DEPARTMENT OF JUSTICE

Antitrust Division

United States V. Microsoft Corporation

List of Individuals and Entities Submitting Public Comments

The United States hereby publishes a complete list of the names (as provided in the comment) of all individuals or entities submitting Tunney Act public comments on the Revised Proposed Final Judgment in the matter of United States v. Microsoft Corp., Civil Action No. 98-1232, pending in the United States District Court for the District of Columbia; the approximate number of pages of each comment; a unique tracking number assigned to each comment so that each comment may be located on the Department's website; and an index to the comments organized by six categories based primarily on the level of detail of the comment. The United States' response to the comments is being published concurrently with this list. To view the comments referenced herein and/or copies of the comments, please follow the instructions provided below.

Electronic copies of all comments identified herein are available on the Department of Justice's Web site at www.usdoj.gov/atr/cases/ms-comments.htm. Interested persons may also request CD-ROM(s) containing the full text of the comments by contacting the Department of Justice in Washington, D.C. at Antitrust Documents Group, 325 7th Street NW., Ste. 215 North, Washington, DC 20530, Telephone: (202) 514-2481, Fax: (202) 514-3763. The United States will provide free of charge one copy of this CD-ROM or set of CD-ROMs to each individual person and five copies to each library or other institution that requests it. The United States will provide, at cost, additional copies above these limits to individuals or institutions upon request.

Name | Number of pages | Unique number
(u) | 0001 | MTC-00018130
— | 0002 | MTC-00029203
1157587@concentric.net | 0001 | MTC-00012751
16fort36@cs.com | 0001 | MTC-00010476
1miler@dragonbbs.com | 0001 | MTC-00028611
2trash | 0001 | MTC-00021140
3211@usa.com | 0001 | MTC-00000850
78455@attbi.com | 0001 | MTC-00028710
a | 0002 | MTC-00004269
A GOP Loyalist | 0001 | MTC-00013489
A. Walter | 0001 | MTC-00019734
A., George | 0002 | MTC-00020158
A.J. Kirby Co. | 0002 | MTC-00000628
aadieringer@juno.com | 0001 | MTC-00024830
Aalseth, Douglas | 0001 | MTC-00013527
Aanestad, Kathy | 0001 | MTC-00002148
Aarant, Matthew | 0001 | MTC-00003966
Aaron, Bud | 0001 | MTC-00005516
Aaron, Jeff | 0001 | MTC-00005435
Aaron, Mike | 0001 | MTC-00025118
Aaronson, Alan | 0002 | MTC-00027779
Aaronson, Russell | 0002 | MTC-00026458
Aas, Steve Ove | 0001 | MTC-00017479
AB | 0001 | MTC-00001299
Abadilla, J ulius | 0001 | MTC-00020172
Abadilla, Julius T. | 0001 | MTC-00011185
Abarbanell, Gay | 0001 | MTC-00006396
Abate, Alessandro | 0002 | MTC-00004204
Abbas, Bill | 0001 | MTC-00014870
Abbas, Bill | 0001 | MTC-00014920
Abbe, John | 0001 | MTC-00001380
Abbey, David | 0001 | MTC-00012552
Abbey, Howard | 0001 | MTC-00015961
Abbey, Jon | 0001 | MTC-00016875
Abbit, Watkins | 0002 | MTC-00031900
Abbott, Barbara | 0001 | MTC-00020791
Abbott, Christopher | 0002 | MTC-00013564
Abbott, David | 0001 | MTC-00022263
Abbott, Jason | 0001 | MTC-00016648
Abbott, Lavon | 0002 | MTC-00012527
Abbott, Patricia | 0001 | MTC-00024814
Abbott, Ronald | 0001 | MTC-00013303
Abdalian, Andrew | 0002 | MTC-00018036
Abel, Earl | 0001 | MTC-00012662
Abel, Ted | 0001 | MTC-00002195
Abele, Mona | 0001 | MTC-00028347
Abeles, Ken | 0001 | MTC-00006467
Abell, Jim | 0002 | MTC-00028519
Abell, Joseph | 0002 | MTC-00033158
Aberdeen, Ed | 0001 | MTC-00001920
Aberman, John | 0001 | MTC-00033568
Aberman, Mickey | 0001 | MTC-00027524
Abernathy, Lannie | 0001 | MTC-00010017
Abernathy, Miles | 0001 | MTC-00022525
Abeuvian, Mickey | 0001 | MTC-00001121
Abilla, Peterson S. | 0001 | MTC-00021296
Abir, Pirooz | 0001 | MTC-00020864
Ableson, Wendla | 0001 | MTC-00014084
Abraczinskas, Susan | 0001 | MTC-00030972
Abraham, Arthur | 0001 | MTC-00022990
Abraham, Jibu | 0001 | MTC-00001999
Abraham, Leonard | 0001 | MTC-00012863
Abraham, Viola | 0001 | MTC-00021832
Abrahams, D. Mark | 0001 | MTC-00027521
Abrahams, Lionel C. | 0001 | MTC-00033289
Abrahamsen, Barry | 0001 | MTC-00022029
Abraldes, Grace | 0001 | MTC-00006940
Abramowitz, Elliot | 0001 | MTC-00027239
Abrams, Ken | 0001 | MTC-00004047
Abrams, Robert | 0001 | MTC-00019583
Abrams, Steve | 0001 | MTC-00029687
Abrams, Steve | 0001 | MTC-00001718
Abramson, Morton | 0001 | MTC-00029017
Abreau, John | 0001 | MTC-00019109
Abreu, Gerald | 0001 | MTC-00004625
Absher, Henry G. | 0002 | MTC-00008249
Abu Remaileh, Mufasem | 0001 | MTC-00011454
Abur, Greg | 0002 | MTC-00031864
Aburn, Herbert | 0002 | MTC-00032966
AC | 0002 | MTC-00019861
ACalapai@aol.com | 0001 | MTC-00010794
Accounting | 0001 | MTC-00009261
Accounting | 0001 | MTC-00009262
Acerra, Michele | 0001 | MTC-00007895
Acerra, Michele | 0001 | MTC-00025325
acesinger@msn.com | 0001 | MTC-00028159
Achor, Louise and Robert | 0001 | MTC-00021572
Acker, Jim | 0002 | MTC-00005057
Ackerman, Al | 0001 | MTC-00011995
Ackerman, Ed | 0001 | MTC-00015647
Ackerman, Trey | 0001 | MTC-00004032
Ackerman< richard | 0001 | MTC-00031083
Ackermans, Alexandre | 0001 | MTC-00009991
Acklam, David | 0001 | MTC-00019947
Ackley, Bob | 0003 | MTC-00021522
Ackman, Terry | 0001 | MTC-00018920
aclauria@colesys.com | 0001 | MTC-00025060
Acosta, M. David | 0003 | MTC-00001719
acrawford@phillynews.com | 0001 | MTC-00028628
ACROME@purina.com | 0001 | MTC-00023104
Acuff, Troy | 0001 | MTC-00020853
Acunto, Diana | 0001 | MTC-00019298
Acurio, Hugo | 0001 | MTC-00001954
Adalja, Amesh | 0001 | MTC-00018497
Adam, Kelli M. | 0003 | MTC-00014689
Adam, Michael | 0001 | MTC-00002829
Adam, Nathaniel | 0001 | MTC-00013353
adamjhecktiman@hotmail.com | 0001 | MTC-00014540
Adams, Bill | 0002 | MTC-00010549
Adams, Brenner | 0002 | MTC-00014409
Adams, Carol | 0001 | MTC-00012937
Adams, Carol | 0001 | MTC-00009671
Adams, Cathie | 0001 | MTC-00030949
Adams, Chris | 0001 | MTC-00001020
Adams, Chris | 0001 | MTC-00024257
Adams, Conlan | 0001 | MTC-00015186
Adams, Don | 0001 | MTC-00001988
Adams, Don | 0001 | MTC-00004658
Adams, Edgar | 0001 | MTC-00013466
Adams, George | 0002 | MTC-00033667
Adams, Henry G. | 0001 | MTC-00004750
Adams, James | 0001 | MTC-00027783
Adams, Janice | 0001 | MTC-00030349
Adams, Janice | 0001 | MTC-00031769
Adams, Jason | 0001 | MTC-00003102
Adams, Jeff | 0002 | MTC-00001664
Adams, Jeff | 0001 | MTC-00019288
Adams, Jeff | 0001 | MTC-00017943
Adams, John | 0001 | MTC-00006180
Adams, John | 0001 | MTC-00030983
Adams, John R. | 0002 | MTC-00006839
Adams, K.H. | 0001 | MTC-00001099
Adams, Lee | 0001 | MTC-00015764
Adams, Matthew | 0001 | MTC-00029659
Adams, Matthew D. | 0001 | MTC-00029706
Adams, Michael | 0001 | MTC-00031746
Adams, Mike | 0001 | MTC-00000058
Adams, Patricia | 0001 | MTC-00022714
Adams, Paul | 0002 | MTC-00025391
Adams, Peter C.S. | 0001 | MTC-00001852
Adams, Peter C.S. | 0001 | MTC-00013749
Adams, R. L. | 0001 | MTC-00006345
Adams, Robert | 0001 | MTC-00010082
Adams, Robert | 0001 | MTC-00012320
Adams, Shirley | 0001 | MTC-00001087
Adams, Shirley | 0001 | MTC-00013094
Adams, Shirley | 0001 | MTC-00025267
Adams, Shirley | 0001 | MTC-00007136
Adams, William | 0001 | MTC-00026325
Adcock, Gerald | 0001 | MTC-00008982
Adcock, Stewart | 0001 | MTC-00012873
Addison, Ann | 0001 | MTC-00020401
Addison, Linda | 0001 | MTC-00032661
Addona, Peter | 0001 | MTC-00029444
Addonizio, Anthony | 0001 | MTC-00026069
Adegard, Erik | 0001 | MTC-00007576
Adelfson, Robert | 0001 | MTC-00026602
Adella@msn.com | 0001 | MTC-00028127
Adelman, Howard | 0001 | MTC-00009150
Aden, Deb | 0001 | MTC-00029903
Aden, Timothy | 0001 | MTC-00011931
adesmara@bellsouth.net | 0001 | MTC-00016048
Adeszko, Vincent | 0001 | MTC-00010174
Adkins, P.H. | 0001 | MTC-00000490
Adler, Bruce | 0001 | MTC-00012513
Adler, Sandra | 0001 | MTC-00006635
Adler, Stu | 0001 | MTC-00008996
Adler, Stu | 0001 | MTC-00032392
Admeen, The | 0002 | MTC-00001676
Administrator | 0001 | MTC-00013133
Adrain | 0001 | MTC-00021242
adrangardner@mac.com | 0002 | MTC-00013647
Adrian | 0001 | MTC-00026309
Adriano | 0001 | MTC-00022450
Aein, Ben | 0002 | MTC-00021876
aerospectrum@juno.com | 0001 | MTC-00028140
AFeldman@Symantec.com | 0002 | MTC-00028206
afernandes@adelphia. net | 0001 | MTC-00011426
Affeld, James | 0001 | MTC-00018783
Affeld, James | 0001 | MTC-00018804
Affleck-Asch, William | 0002 | MTC-00004696
Afreespirit@email.msn.com | 0001 | MTC-00028119
Afrris, Anita M. | 0001 | MTC-00029616
Afshani, Peyman | 0001 | MTC-00011060
afsheenb@bu.edu | 0001 | MTC-00016754
aftl@goldway.com | 0001 | MTC-00014501
agapa1@juno.com | 0001 | MTC-00024796
Agarwal, Abhishek | 0001 | MTC-00023786
Agarwal, Mohinder | 0002 | MTC-00028281
Agarwal, Sandeep | 0001 | MTC-00012891
Agarwala, Vijay K. | 0001 | MTC-00018350
Agbodike, Afam | 0001 | MTC-00018169
Agee, Jules | 0002 | MTC-00018417
Agen, Tim | 0001 | MTC-00000151
Ageri, Liz | 0001 | MTC-00011214
Aggichurc@aol.com | 0001 | MTC-00012023
Agha, Aurangzeb | 0001 | MTC-00015856
Aghazarian, Nick | 0001 | MTC-00019826
Aglialaro, John | 0001 | MTC-00010529
Agnelli, Eleanor | 0001 | MTC-00007060
Agnello, Frank | 0001 | MTC-00000620
Agnello, Raymond | 0001 | MTC-00029686
Agness, Robert | 0001 | MTC-00029801
Agnew, Bob | 0002 | MTC-00009752
Agosto, Gunner | 0001 | MTC-00011985
Agre, Arnold | 0001 | MTC-00007902
Agreda, Victor, Jr. | 0001 | MTC-00013443
Agrella, Al | 0001 | MTC-00001195
Aguilar, Mandy | 0001 | MTC-00006601
Aguilera, Fernando | 0002 | MTC-00014168
Aguirre, Jane | 0001 | MTC-00032714
Ah Kit, Jonathan | 0002 | MTC-00013969
Ahad, Rob | 0001 | MTC-00014471
Aharon, Daniel | 0001 | MTC-00003872
aharoyan@ucdvars,edu | 0001 | MTC-00027545
ahbollhagen@yahoo.com | 0001 | MTC-00014520
Ahearn, James and Carol | 0001 | MTC-00027192
Ahern, Kevin | 0001 | MTC-00024948
Ahking, Peter | 0001 | MTC-00006487
Ahl, David | 0001 | MTC-00018744
Ahlf, Michael | 0001 | MTC-00017165
Ahlgeen, Paul | 0001 | MTC-00001290
Ahlstrom, Chris | 0001 | MTC-00000985
Ahlstrom, Chris | 0001 | MTC-00020855
Ahlstrom, Chris | 0001 | MTC-00023435
Ahmad, Omar | 0001 | MTC-00024435
Ahmed, Iyaz | 0001 | MTC-00006886
Ahmed, Zimran | 0002 | MTC-00003978
AHmed, Zimran | 0001 | MTC-00012882
Ahmed, Zimran | 0001 | MTC-00004265
ahowers@juno.com | 0001 | MTC-00028604
ahr6928@msn.com | 0001 | MTC-00012750
Ahre, Ted | 0001 | MTC-00005655
Ahumada, Pat | 0001 | MTC-00032649
Aichele, Justin | 0002 | MTC-00025362
Ailanis, Robert G. | 0001 | MTC-00011973
Ailde | 0001 | MTC-00000668
Ailes, David | 0001 | MTC-00001884
Ainsley, MJ | 0001 | MTC-00024119
Ainsley, Robert | 0001 | MTC-00001111
Ainsworth, Kay | 0001 | MTC-00008054
Aird, James | 0001 | MTC-00022638
airfoil2@hotmail.com | 0001 | MTC-00021988
Aisen, Alex | 0007 | MTC-00028212
Aitala, Eric | 0001 | MTC-00016344
AITALA@olemiss.edu | 0001 | MTC-00024820
Aitel, Moe and Grace | 0001 | MTC-00023945
Aitken, Chris | 0002 | MTC-00018676
Aitking, Peter | 0002 | MTC-00013875
Ajax, Randy | 0001 | MTC-00024839
Ajayan, Keith | 0001 | MTC-00014191
ajcor@erols.com | 0001 | MTC-00011397
ajekiert@hotmail.com | 0001 | MTC-00014548
ajimenez@milesgr.com | 0001 | MTC-00028618
Ajit | 0001 | MTC-00023439
Ajlouni, Suleiman | 0002 | MTC-00031438
akbranch@juno.com | 0001 | MTC-00014556
Akemann, Charles | 0001 | MTC-00000031
Aker, Susan | 0001 | MTC-00004223
Akerboom, Richard | 0001 | MTC-00001072
Akers, Laura | 0001 | MTC-00027990
Akers, Suzanne and Robert | 0001 | MTC-00028680
Akhimienmbona, Solomon | 0002 | MTC-00026518
Akin, Allen | 0005 | MTC-00002904
Akin, Charles | 0001 | MTC-00029890
Akiner, Ay-Vih | 0001 | MTC-00031224
Akins, Chris | 0001 | MTC-00031117
AKkana | 0003 | MTC-00027242
Akker, Ty Van den | 0001 | MTC-00027645
AKN@Mediaone.net | 0001 | MTC-00000740
Aksamet, Dennis | 0001 | MTC-00020833
Al-Beheshti, Ali | 0001 | MTC-00017708
Al-Hawaz, Laurie | 0001 | MTC-00013001
Ala'ilima, Titiimaea | 0001 | MTC-00004496
Alan Hyman, Richard | 0001 | MTC-00032106
Alan, Drew | 0001 | MTC-00020358
alan@interjot.com | 0001 | MTC-00011323
AlanB934@aol.com | 0001 | MTC-00012406
Alaniz, George | 0001 | MTC-00021214
Alayo, Sandra | 0001 | MTC-00010217
Alayon, Marc | 0001 | MTC-00001503
Alba, Roy S. | 0001 | MTC-00027515
alba.ocasio@juno.com | 0001 | MTC-00024781
Albarado, Carl | 0001 | MTC-00012641
Albee, Mike | 0001 | MTC-00013356
Albee, Thomas | 0002 | MTC-00027988
alben4@juno.com | 0001 | MTC-00028110
Alberg, Aaron | 0001 | MTC-00032715
Alberg, Aaron | 0001 | MTC-00009885
Alberg, Robin | 0001 | MTC-00032713
Albers, Brian | 0001 | MTC-00027413
ALbers, Jeff | 0001 | MTC-00005769
Albert, Bob | 0001 | MTC-00005253
Albert, Dan | 0001 | MTC-00013546
Albert, Ernest | 0001 | MTC-00029789
Albert, Steve | 0001 | MTC-00009142
Albertelli, Guy | 0001 | MTC-00016766
Alberti, Ralph | 0001 | MTC-00027256
Alberts, Jay | 0001 | MTC-00000861
Alberts, Jay | 0001 | MTC-00032262
Alberts, Robert | 0001 | MTC-00005766
Albertsen, Carol | 0001 | MTC-00029774
Albertson, Brett | 0001 | MTC-00016099
Alberz, Aaron | 0001 | MTC-00021727
AlbieV@aol.com | 0001 | MTC-00013779
Albo, Dave | 0002 | MTC-00031043
Albrecht, Don | 0001 | MTC-00022555
Albright, Bill | 0001 | MTC-00012454
Albright, Bill | 0001 | MTC-00001154
Albright, Christopher | 0002 | MTC-00033434
Albright, Jim | 0001 | MTC-00007506
Albright, Libby | 0001 | MTC-00033810
Albright, Thomasi | 0001 | MTC-00014956
Albro, Jeff | 0001 | MTC-00015316
Alcantara, Leonardo | 0001 | MTC-00021661
Alcini, Charles | 0001 | MTC-00023395
Alcini, Sandra | 0001 | MTC-00023388
Alcorn, Warren D. | 0001 | MTC-00006203
Alcott, Joseph | 0001 | MTC-00008977
aldell@juno.com | 0001 | MTC-00010427
Alderete, Michael | 0001 | MTC-00000300
Alderete, Michael | 0004 | MTC-00029756
Alderete, Michael | 0003 | MTC-00000651
Alderete, Michael | 0004 | MTC-00029651
Alderete, Michael A. | 0003 | MTC-00027544
Alderman, David | 0001 | MTC-00019850
Alderman, Nathan | 0002 | MTC-00026016
Alderson, Cheryl L. | 0001 | MTC-00007402
Aldinger, Donna | 0001 | MTC-00025054
Aldridge, William | 0001 | MTC-00029040
aleaggiano@aol.com | 0001 | MTC-00014584
Alegria, Manny | 0001 | MTC-00026732
Aleksic, Miladin | 0001 | MTC-00007551
Alekson, Jim | 0001 | MTC-00006718
Alelyunas, Rob | 0002 | MTC-00011334
Alen, Betty | 0001 | MTC-00007592
Alevizopaulos, Dimitri | 0001 | MTC-00013716
Alewine, William | 0001 | MTC-00017876
Alex, Alegado | 0001 | MTC-00019702
Alex, Gheoghiu | 0002 | MTC-00010696
Alexander, Aubrey | 0001 | MTC-00016863
Alexander, Ben | 0001 | MTC-00022781
Alexander, Bob | 0001 | MTC-00028767
Alexander, Carl | 0001 | MTC-00017658
Alexander, Carl | 0001 | MTC-00015579
Alexander, David T. | 0001 | MTC-00014818
Alexander, Deborah | 0001 | MTC-00023897
Alexander, Deborah | 0002 | MTC-00033389
Alexander, Doug | 0001 | MTC-00005472
Alexander, Greg | 0002 | MTC-00018138
Alexander, Gregory W. | 0001 | MTC-00015471
Alexander, Kim | 0001 | MTC-00005868
Alexander, Mark | 0005 | MTC-00002572
aLEXANDER, mARK w. | 0002 | MTC-00019847
Alexander, Mark W. | 0002 | MTC-00033300
Alexander, Melanie C. | 0001 | MTC-00025256
Alexander, Nancy W. | 0001 | MTC-00006069
Alexander, Rick | 0001 | MTC-00002698
Alexander, Wes | 0001 | MTC-00032568
alexardw@tklaw.com | 0001 | MTC-00009247
Alexeff, Igor | 0001 | MTC-00025825
Alexeff, Igor | 0001 | MTC-00029561
Alexekos, George | 0001 | MTC-00011010
alexmarcos@hotmail.com | 0001 | MTC-00014515
Alfaro, Juan | 0001 | MTC-00023646
Alfieri, Matthew | 0001 | MTC-00029713
Alfieri, Matthew | 0002 | MTC-00027719
Alford, Harry | 0002 | MTC-00029036
Alford, Larry C. | 0001 | MTC-00023479
Alford, Michael | 0001 | MTC-00032115
Alford, Seth | 0001 | MTC-00008801
Alger, Dave | 0001 | MTC-00003314
Alhassan, Yazen | 0001 | MTC-00005665
Ali | 0001 | MTC-00008227
Ali, Shahid | 0001 | MTC-00025793
aliceajose@hotmail.com | 0001 | MTC-00024247
alice—remcheck@webtv.net | 0001 | MTC-00028227
Alitoraf@juno.com | 0001 | MTC-00010436
Alkinc, Margaret | 0001 | MTC-00012311
Allabashi, John | 0001 | MTC-00030739
Allan, Dick | 0001 | MTC-00033333
Allan, Dick | 0001 | MTC-00023800
Allan, Virginia | 0002 | MTC-00029920
Allan2233@aol.com | 0001 | MTC-00014343
Allard, Robert | 0001 | MTC-00031950
Allbee, Brian | 0005 | MTC-00024344
allcastiglia@juno.com | 0001 | MTC-00011411
Allegretta, Chris | 0001 | MTC-00015217
Allegretta, Frank | 0001 | MTC-00009424
Allemana, Brian | 0002 | MTC-00026760
Allen, Alice | 0001 | MTC-00007886
Allen, Ben | 0001 | MTC-00009296
Allen, Bill | 0001 | MTC-00030898
Allen, Carrie | 0001 | MTC-00032868
Allen, Christopher | 0002 | MTC-00018246
Allen, Cliff | 0001 | MTC-00002501
Allen, Clint | 0001 | MTC-00026434
Allen, Daniel D. | 0001 | MTC-00027252
Allen, David | 0002 | MTC-00013781
Allen, Don | 0001 | MTC-00003481
Allen, Donald | 0001 | MTC-00007370
Allen, G | 0001 | MTC-00030151
Allen, Gardine | 0001 | MTC-00017676
Allen, Gary | 0001 | MTC-00005795
Allen, Gary | 0001 | MTC-00027611
Allen, George | 0002 | MTC-00031516
Allen, Grace | 0001 | MTC-00025364
Allen, Gregory | 0001 | MTC-00022331
Allen, J. C. | 0010 | MTC-00023702
Allen, Jack | 0003 | MTC-00032053
Allen, Jason | 0001 | MTC-00012058
Allen, JC | 0008 | MTC-00025646
Allen, Jeff S. | 0001 | MTC-00011632
Allen, John | 0001 | MTC-00026361
Allen, Jont | 0002 | MTC-00009996
Allen, Kevin | 0001 | MTC-00032763
Allen, Lee | 0002 | MTC-00001823
Allen, Marc | 0001 | MTC-00016521
Allen, Matt | 0001 | MTC-00028614
Allen, Michael | 0003 | MTC-00001330
Allen, Michael | 0001 | MTC-00025317
Allen, Michael | 0001 | MTC-00006963
Allen, Morris | 0001 | MTC-00005901
Allen, Nick | 0001 | MTC-00015485
Allen, P. J. | 0001 | MTC-00017258
Allen, Patricia | 0001 | MTC-00012445
Allen, Paul | 0001 | MTC-00008427
Allen, Paul G. | 0001 | MTC-00018601
Allen, Peter | 0001 | MTC-00017847
Allen, Peter | 0001 | MTC-00001620
Allen, Richard | 0001 | MTC-00003701
Allen, Roger | 0002 | MTC-00024758
Allen, Shawn | 0001 | MTC-00019691
Allen, Theodore J. | 0001 | MTC-00019580
Allen, Timothy | 0001 | MTC-00002426
Allen, Timothy | 0001 | MTC-00002427
Allen, William | 0001 | MTC-00006340
Allensworth, Billie | 0001 | MTC-00023048
Allensworth, Billie | 0002 | MTC-00033474
Allenton, Joyce C. | 0001 | MTC-00025601
Alleva, Fil | 0002 | MTC-00028821
Alley, Jane D. | 0001 | MTC-00008745
Alley, Jane D. | 0001 | MTC-00011618
Alley, Michelle | 0002 | MTC-00032527
Allger, Thomas | 0001 | MTC-00020605
Allhouse, Mark | 0001 | MTC-00000218
Allington, Keith | 0001 | MTC-00016485
Allinson, Robert | 0001 | MTC-00021761
Allison, Burgess | 0001 | MTC-00027766
Allison, Dan | 0001 | MTC-00013859
Allison, Elizabeth | 0001 | MTC-00026102
Allison, Eric | 0001 | MTC-00017522
Allison, Jackie | 0001 | MTC-00026747
Allison, tim | 0001 | MTC-00029652
Allison, Tom | 0001 | MTC-00014888
Allman, Brenda | 0002 | MTC-00030248
Allman, Eric | 0001 | MTC-00015304
Allncl@cs.com | 0001 | MTC-00011285
Allpon, Helen | 0001 | MTC-00033070
Allred, Andy | 0001 | MTC-00020236
Allred, Joe | 0002 | MTC-00000495
Allsbrow, Katie | 0001 | MTC-00019542
Allshouse, Keith | 0001 | MTC-00019811
Alme, Richard | 0001 | MTC-00018835
Almonnode, Virginia | 0001 | MTC-00032801
alnbax@juno.com | 0001 | MTC-00012753
ALOBAO@microsoft.com | 0001 | MTC-00018090
Alohs, Barbara | 0001 | MTC-00007008
Aloia, Paul | 0002 | MTC-00033043
Aloian, Lawrence | 0001 | MTC-00006981
Alonzi, Joseph A. | 0001 | MTC-00010232
Alosar, Anze | 0002 | MTC-00003657
Alpern, Micah | 0004 | MTC-00018336
Alpert, Irvine | 0003 | MTC-00008147
Alphonslarve@aol.com | 0001 | MTC-00011899
Alpin, Gene | 0001 | MTC-00030979
als123@mediaone.net | 0001 | MTC-00024271
Alsberg, Eric | 0001 | MTC-00009527
Alsee | 0003 | MTC-00000588
Alsirkeh | 0001 | MTC-00028280
Alsup, Fred | 0001 | MTC-00010525
Altaica, Panthera | 0001 | MTC-00018435
Altenburg, Bert | 0001 | MTC-00014052
Alterman, Shayna | 0001 | MTC-00009645
Altes, James | 0001 | MTC-00027987
Altes, Larry | 0001 | MTC-00018584
Althoff, James | 0001 | MTC-00011718
Althoff, Jim E. | 0001 | MTC-00011712
Altier, Joseph P. | 0001 | MTC-00011689
Altman, Gary E. | 0002 | MTC-00028257
Altman, Marty | 0003 | MTC-00027709
Altmeyer, Tara | 0001 | MTC-00022596
Alto, Sandra | 0001 | MTC-00009699
Alto, Sandy | 0001 | MTC-00018606
Altomari, Frank J. | 0001 | MTC-00006985
Alton, Greg | 0001 | MTC-00001473
Alton, Greg | 0001 | MTC-00032087
Alton, Matthew | 0001 | MTC-00003483
Altotsky, Alexander | 0001 | MTC-00030797
Altru1@aol.com | 0001 | MTC-00008159
Alustiza, Dan | 0001 | MTC-00003518
Alvanado, Brian J. | 0002 | MTC-00016574
Alvar, David | 0001 | MTC-00012190
Alvaradorivera, Antonio | 0001 | MTC-00016236
Alvarez, Bob | 0002 | MTC-00016169
Alvarez, Don | 0001 | MTC-00029005
Alvarez, Grace | 0001 | MTC-00020277
Alvarez, Zoe | 0001 | MTC-00012432
Alvarez, Zoe | 0001 | MTC-00029162
Alvaro, Timothy | 0001 | MTC-00025567
Alverson, Ken | 0001 | MTC-00000574
Alway, Vern | 0001 | MTC-00026722
Alwood, Robert | 0001 | MTC-00017838
Alyne | 0002 | MTC-00028812
Amacher, Lois | 0001 | MTC-00029064
Amacher, Lois | 0001 | MTC-00009910
amaish@juno.com | 0001 | MTC-00025814
Amber Dawn Bernett | 0001 | MTC-00019730
Ambron, S. | 0001 | MTC-00015827
Ambrose, Greg | 0002 | MTC-00011082
Ambrose, Robert | 0001 | MTC-00001584
Ambrose, Tim | 0001 | MTC-00007622
Ambrose, Tim | 0001 | MTC-00027321
Ambrose, Tim | 0001 | MTC-00001307
Ambrose, Tim | 0001 | MTC-00004247
Ambrosen, Anna Belle | 0001 | MTC-00007107
Ambrow, Richard | 0002 | MTC-00009187
Amend, Bill | 0001 | MTC-00017388
Ament, Werner | 0001 | MTC-00013817
Ames, Joannie | 0001 | MTC-00011831
Ames, Judy | 0002 | MTC-00008584
Ames, Scott | 0001 | MTC-00016888
Amesbury, Alan | 0002 | MTC-00023677
Amfahr, Jeff | 0001 | MTC-00015140
Amicon, Andrew | 0001 | MTC-00006811
Amidei, L. Neal | 0001 | MTC-00017279
Amies, Alex | 0001 | MTC-00010522
amiller26cearthlink.net | 0001 | MTC-00024283
Amin, Johann | 0001 | MTC-00003353
Amino, Joan | 0001 | MTC-00004375
Amino, Joan | 0001 | MTC-00006388
Amirault, Christine | 0001 | MTC-00020785
Amirault, Christine | 0002 | MTC-00032451
AMKELL4@aol.com | 0001 | MTC-00007616
Ammer, Otto | 0001 | MTC-00010640
Ammer, Raymond | 0002 | MTC-00009875
Ammons, Henry | 0001 | MTC-00002661
AMNM1950@aol.com | 0001 | MTC-00014336
Amoroso, Jim | 0001 | MTC-00009892
Amos, Steve | 0001 | MTC-00000092
Amster, Michael | 0001 | MTC-00023457
Anaya, Eugene | 0003 | MTC-00001243
Anchev, Andrew | 0001 | MTC-00025572
Anders, Margaret | 0001 | MTC-00013518
Andersen, Charles | 0001 | MTC-00027684
Andersen, Richard and Sondra | 0001 | MTC-00023163
Andersen, Richard and Sondra | 0001 | MTC-00025668
Andersen, Robert | 0001 | MTC-00005628
Andersen, Tom | 0001 | MTC-00006208
Anderson, Agnes | 0001 | MTC-00031143
Anderson, Allen | 0001 | MTC-00005956
Anderson, Alva | 0004 | MTC-00002910
Anderson, Anne | 0001 | MTC-00029866
Anderson, Arthur W. | 0001 | MTC-00009079
Anderson, Billy | 0001 | MTC-00022978
Anderson, Brad | 0001 | MTC-00024906
Anderson, Bradley | 0002 | MTC-00022518
Anderson, Bregg | 0001 | MTC-00032089
Anderson, Brendan | 0001 | MTC-00017729
Anderson, Brian T. | 0001 | MTC-00001829
Anderson, Charla | 0001 | MTC-00031621
Anderson, Chris | 0001 | MTC-00019516
Anderson, Cliff | 0001 | MTC-00003313
Anderson, Cynthia T. | 0001 | MTC-00031141
Anderson, Dale | 0002 | MTC-00032368
Anderson, Dan | 0002 | MTC-00001100
Anderson, Dan | 0001 | MTC-00019363
Anderson, Dave | 0001 | MTC-00000464
Anderson, Dave | 0001 | MTC-00015463
Anderson, David | 0001 | MTC-00032671
Anderson, David | 0001 | MTC-00028397
Anderson, Dennis | 0001 | MTC-00015532
Anderson, Dexter | 0002 | MTC-00004179
Anderson, Dexter | 0002 | MTC-00008591
Anderson, Eric | 0001 | MTC-00024738
Anderson, Eric | 0001 | MTC-00014100
Anderson, Erik | 0001 | MTC-00019954
Anderson, Erwin | 0001 | MTC-00007415
Anderson, Evan | 0001 | MTC-00018367
Anderson, Gary | 0001 | MTC-00008345
Anderson, Gayle | 0001 | MTC-00021732
Anderson, Glenn | 0002 | MTC-00001172
Anderson, Harold | 0001 | MTC-00027960
Anderson, Harold | 0001 | MTC-00020898
Anderson, Jeff | 0001 | MTC-00018081
Anderson, Jim | 0002 | MTC-00033469
Anderson, Jim | 0002 | MTC-00026189
Anderson, Joe H., Jr. | 0001 | MTC-00033865
Anderson, John | 0003 | MTC-00027064
Anderson, John | 0001 | MTC-00001590
Anderson, John | 0001 | MTC-00029559
Anderson, John | 0001 | MTC-00015226
Anderson, John | 0001 | MTC-00026919
Anderson, John S. J. | 0001 | MTC-00019944
Anderson, Jon | 0001 | MTC-00004463
Anderson, Jon | 0001 | MTC-00026610
Anderson, Justin | 0001 | MTC-00017331
Anderson, K. | 0001 | MTC-00022142
Anderson, Keith | 0002 | MTC-00016957
Anderson, Ken | 0001 | MTC-00006221
Anderson, Ken | 0001 | MTC-00003990
Anderson, Kevin | 0001 | MTC-00003728
Anderson, Kurt | 0001 | MTC-00018406
Anderson, Kyle | 0001 | MTC-00012860
Anderson, Larry | 0001 | MTC-00023496
Anderson, Larry | 0001 | MTC-00025702
Anderson, Lon | 0001 | MTC-00029808
Anderson, Louise | 0001 | MTC-00030101
Anderson, Margaret | 0001 | MTC-00025926
Anderson, Mark | 0001 | MTC-00005570
Anderson, Mark R. | 0001 | MTC-00015768
Anderson, Marv | 0002 | MTC-00022952
Anderson, Marvin V. | 0001 | MTC-00030731
Anderson, Mary | 0001 | MTC-00005845
Anderson, Melbourne | 0003 | MTC-00028266
Anderson, Michael | 0002 | MTC-00011280
Anderson, Michael L. | 0001 | MTC-00013948
Anderson, Michael P. | 0002 | MTC-00000836
Anderson, Mike | 0001 | MTC-00027740
Anderson, Mike | 0001 | MTC-00010195
Anderson, Mitch | 0005 | MTC-00024609
Anderson, Mitch | 0001 | MTC-00026894
Anderson, Nicki | 0001 | MTC-00027300
Anderson, Paul | 0001 | MTC-00023073
anderson, Peter | 0006 | MTC-00028581
Anderson, Peter M. | 0002 | MTC-00014491
Anderson, Peter T. | 0001 | MTC-00027244
Anderson, Phillip | 0001 | MTC-00002208
Anderson, Phillip | 0001 | MTC-00020114
Anderson, Ralph | 0001 | MTC-00009270
Anderson, Randy | 0001 | MTC-00002719
Anderson, Richard | 0001 | MTC-00021681
Anderson, Robert | 0001 | MTC-00029504
Anderson, Robert | 0002 | MTC-00010943
Anderson, Robert W. | 0001 | MTC-00030127
Anderson, Roger K. | 0001 | MTC-00023729
Anderson, Ron | 0001 | MTC-00013348
Anderson, Ryon | 0001 | MTC-00017951
Anderson, Scott | 0001 | MTC-00000323
Anderson, Seth | 0001 | MTC-00024312
Anderson, Shelley | 0001 | MTC-00005103
Anderson, Skyler | 0001 | MTC-00020020
Anderson, Skyler | 0001 | MTC-00020027
Anderson, Steve | 0001 | MTC-00027899
Anderson, Steve | 0001 | MTC-00006523
Anderson, Stuart | 0003 | MTC-00029238
Anderson, Terry C. | 0001 | MTC-00028209
Anderson, Tim | 0002 | MTC-00022495
Anderson, Travis | 0001 | MTC-00016990
Anderson, Wayne | 0002 | MTC-00031639
Anderssen, Jason | 0002 | MTC-00004191
Anding, Joe | 0002 | MTC-00015272
Andrachek, mark R. | 0001 | MTC-00015320
Andrade, Carlos | 0002 | MTC-00027813
Andrade, Daniel | 0002 | MTC-00013909
Andrako, John | 0001 | MTC-00021874
Andrako, Wanda | 0001 | MTC-00021855
ANDRAR | 0001 | MTC-00001918
Andre, Bob | 0001 | MTC-00006551
Andree, Debbie | 0001 | MTC-00005052
Andreen, Gilbert | 0001 | MTC-00029020
Andrei, Florin | 0001 | MTC-00004140
Andres, Al | 0010 | MTC-00002931
Andres, Al | 0011 | MTC-00003147
Andres, Clay | 0001 | MTC-00000690
Andresen, Albert | 0001 | MTC-00030530
Andrew M. Church | 0002 | MTC-00019708
Andrew Spencer | 0001 | MTC-00019714
Andrew, Patricia | 0001 | MTC-00008389
Andrews, Bob | 0002 | MTC-00003538
Andrews, Bob | 0001 | MTC-00025565
Andrews, Bob | 0002 | MTC-00005181
Andrews, Daniel | 0002 | MTC-00023630
Andrews, Donald | 0001 | MTC-00032951
Andrews, Eric | 0002 | MTC-00031620
Andrews, George | 0001 | MTC-00030992
Andrews, John | 0001 | MTC-00004919
Andrews, John | 0001 | MTC-00023744
Andrews, Ken | 0001 | MTC-00007580
Andrews, Lee | 0001 | MTC-00011699
Andrews, Marcia | 0001 | MTC-00005904
Andrews, Mark | 0001 | MTC-00009848
Andrews, Patricia | 0001 | MTC-00030833
Andrews, Rebecca | 0001 | MTC-00025350
Andrews, Robert | 0003 | MTC-00030667
Andrews, Sarah W. | 0001 | MTC-00005164
Andrus, Harold R., Jr. | 0002 | MTC-00030058
Andybur, Richard W. | 0001 | MTC-00000182
Andymo13 | 0001 | MTC-00027797
Aneitio, Barbara | 0001 | MTC-00013626
Anfinrud, David | 0002 | MTC-00023916
Anfinrud, David | 0002 | MTC-00033399
Ang, Edith | 0001 | MTC-00025780
Angal, Charlie | 0001 | MTC-00022019
Angel, Mick | 0001 | MTC-00020320
ANgelichio, Mike | 0001 | MTC-00019621
Angelico, John | 0001 | MTC-00018823
Angelin, Bruno | 0001 | MTC-00000515
Angelin, Bruno | 0001 | MTC-00032254
Angell118@juno.com | 0001 | MTC-00025309
Angelova, Anna | 0001 | MTC-00013440
Anger, John | 0001 | MTC-00011153
Angielski, J effrey | 0001 | MTC-00015146
Angioletti, Thomas | 0001 | MTC-00011081
Anglin, Jonathan B. | 0001 | MTC-00016734
ANGLMARIAH@aol.com | 0001 | MTC-00008789
Angrisano, Frank | 0001 | MTC-00008209
Angrisano, Robert | 0001 | MTC-00007610
Anguall, Maurice | 0002 | MTC-00033083
Angue, Darcy James | 0001 | MTC-00025357
Anguiano, Lupe | 0001 | MTC-00004948
Anguiano, Lupe | 0001 | MTC-00024747
Anichini, Steve | 0002 | MTC-00015637
Anjo, Hal | 0001 | MTC-00018341
Ankeny, Rodney | 0001 | MTC-00001897
Anker, Bernard | 0001 | MTC-00005463
ann. reid@thomson learning.com | 0001 | MTC-00007745
Annalisa-Secure Store | 0001 | MTC-00004507
Anne | 0001 | MTC-00007838
Annie | 0001 | MTC-00013891
Annis, Donald J. | 0001 | MTC-00010739
AnnKom@aol.com | 0001 | MTC-00026120
Anonymous | 0002 | MTC-00023987
Anonymous | 0001 | MTC-00008918
Anonymous | 0003 | MTC-00029544
Anonymous | 0003 | MTC-00029545
Anrango, Robert | 0002 | MTC-00028851
Ansaldo, Rob | 0001 | MTC-00014921
Ansbro, Catherine | 0002 | MTC-00008095
Anspach, Jeremiah | 0001 | MTC-00015863
Anthony Buhler | 0001 | MTC-00019731
Anthony, David | 0001 | MTC-00010050
Anthony, James | 0001 | MTC-00011219
Anthony, Jude | 0001 | MTC-00015334
Anthony, Kelly K. | 0001 | MTC-00027898
Anthony, Zach | 0002 | MTC-00004911
Antiquesfm@aol.com | 0001 | MTC-00008409
Antkoviak, Deborah | 0001 | MTC-00010964
Antkoviak, Deborah | 0001 | MTC-00032131
Antlitz, Mark J. | 0001 | MTC-00027923
Antlitz, Patricia | 0002 | MTC-00012001
Antolak, Kahtleen | 0001 | MTC-00006825
Anton, Pegi | 0002 | MTC-00013797
Anton, Tony | 0001 | MTC-00000013
Antonacci, David | 0002 | MTC-00018680
Antonelli, Dean | 0001 | MTC-00019362
Antonelli, Dean | 0001 | MTC-00020293
Antram, John | 0002 | MTC-00023935
Antunes, Karen | 0001 | MTC-00013517
Anvin, H. Peter | 0003 | MTC-00027157
Anwar, Majid | 0001 | MTC-00020428
AOL Time Warner | 0107 | MTC-00030615
AON Consulting | 0001 | MTC-00030870
Apa, Kenneth | 0001 | MTC-00016889
apace27@juno.com | 0001 | MTC-00017326
APALACHFLA@aol.com | 0001 | MTC-00028207
Apathy7@blackened.com | 0001 | MTC-00019926
Apel, Andrew | 0002 | MTC-00013596
Apland, Ken | 0001 | MTC-00027048
Apour, Steven | 0001 | MTC-00029530
Appe, Michael | 0001 | MTC-00024338
Appel, Alisan S. | 0001 | MTC-00014783
Appel, John | 0002 | MTC-00033308
Appel, Leoanrd | 0001 | MTC-00015420
Appel, Robert | 0001 | MTC-00023475
Appell, Allen | 0001 | MTC-00022083
Appell, Allen | 0001 | MTC-00013860
Apperson, Fred | 0001 | MTC-00007009
Apple, Stephen | 0002 | MTC-00032232
Applebaum, Jim | 0001 | MTC-00013407
Applebaum, Jim | 0001 | MTC-00008071
Applegarth, Andrew W. | 0001 | MTC-00001305
Appleman, Gordon | 0001 | MTC-00007811
Appleman, Gordon | 0001 | MTC-00019387
Applestinx@aol.com | 0001 | MTC-00006810
Appleton, Ray | 0001 | MTC-00027302
Aps42616@aol.com | 0001 | MTC-00027271
Apu, Peter | 0001 | MTC-00000760
Aragones, Norman | 0001 | MTC-00023659
Arakelian, Greg | 0001 | MTC-00029202
Arakelian, Ken | 0001 | MTC-00002808
Araki, Marla | 0002 | MTC-00010277
Arana, Javier | 0001 | MTC-00006249
Aranian, C. Scott | 0001 | MTC-00027996
Arbtin, Amanda | 0001 | MTC-00012465
Arbtin, Chellsea | 0001 | MTC-00012477
Arbtin, Curt | 0001 | MTC-00012464
Arbtin, Michaela | 0001 | MTC-00012478
Arbtin, Theresa | 0001 | MTC-00012467
Arbtin, Thomas | 0001 | MTC-00012463
Arcand, Garnett | 0001 | MTC-00007359
Arcaro, Vince | 0001 | MTC-00017233
Arceneaux, Marie | 0001 | MTC-00013244
arch angel 525252@hot mail.com | 0001 | MTC-00028181
ARcher, CT | 0001 | MTC-00020310
Archer, William | 0001 | MTC-00022337
Archibald, Christopher Scott | 0001 | MTC-00027376
Arcilla, Ryan | 0001 | MTC-00012060
Ard, Fran | 0001 | MTC-00019646
Ard, Harold W. | 0001 | MTC-00019110
Ard, Jonathan | 0001 | MTC-00018102
Arden, Michelle | 0001 | MTC-00022133
Ardill, Robert | 0001 | MTC-00009101
Ardis, Robert B. | 0001 | MTC-00006269
Arean,, Victor | 0002 | MTC-00030168
Arellano, Art | 0001 | MTC-00002517
Arenaro, Richard | 0001 | MTC-00024124
Arends, John | 0001 | MTC-00001518
Aresty, Jamie | 0001 | MTC-00000478
Argentini, Rankri | 0001 | MTC-00015073
Argo, Rich W. | 0003 | MTC-00028333
Argo, Wesley | 0001 | MTC-00031398
argruber@juno.com | 0001 | MTC-00028176
Argumedo, Sue | 0001 | MTC-00006218
Ari Miller | 0001 | MTC-00019747
Arick, Michael | 0001 | MTC-00003973
Arico, Joe | 0001 | MTC-00001275
Arkfeld, Frank | 0002 | MTC-00030950
Arkle, Dave | 0001 | MTC-00024161
Arkowski, Steve | 0001 | MTC-00018647
Arky, Ron | 0001 | MTC-00006316
arlanbarber@juno.com | 0001 | MTC-00010331
arlen—betty@centurytel.net | 0001 | MTC-00028096
Arman, Lasey | 0001 | MTC-00013478
Armbuster, Rene | 0001 | MTC-00029776
Armen | 0001 | MTC-00028279
Armfield, Reginald L. | 0001 | MTC-00030183
Armijo, Barbara | 0001 | MTC-00022520
Armour, David | 0001 | MTC-00004641
Armour, David | 0002 | MTC-00004644
Armour,Theo | 0001 | MTC-00026089
Armstrong, Bill | 0001 | MTC-00020918
Armstrong, Bob | 0001 | MTC-00016493
Armstrong, Brian | 0001 | MTC-00002257
Armstrong, Bruce | 0001 | MTC-00016825
Armstrong, Chris | 0003 | MTC-00024196
Armstrong, Christopher | 0001 | MTC-00018402
Armstrong, Christopher | 0001 | MTC-00019337
Armstrong, Doug | 0001 | MTC-00004878
Armstrong, Greg | 0001 | MTC-00018340
Armstrong, Jason | 0001 | MTC-00016722
Armstrong, Julie A. | 0001 | MTC-00001962
Armstrong, Lillian | 0001 | MTC-00032020
Armstrong, Linda | 0001 | MTC-00001520
Armstrong, Paul | 0001 | MTC-00001744
Armstrong, Sanda | 0001 | MTC-00008269
Armstrong, Steven | 0006 | MTC-00000951
Arndt, Michael D. | 0001 | MTC-00007634
Arndt, Paul | 0002 | MTC-00018066
Arnett, Bill | 0001 | MTC-00002742
Arnett, Douglas B. | 0001 | MTC-00025518
Arnette, Chris | 0001 | MTC-00000965
arnobob@juno.com | 0001 | MTC-00010431
Arnold, Andrew | 0001 | MTC-00000661
Arnold, Andrew | 0001 | MTC-00001732
Arnold, Betty | 0001 | MTC-00021613
Arnold, Beverly | 0001 | MTC-00006463
Arnold, Bill | 0001 | MTC-00021883
Arnold, Charles | 0002 | MTC-00033290
Arnold, Dorman | 0002 | MTC-00033186
Arnold, Ed | 0001 | MTC-00006566
Arnold, Eli | 0001 | MTC-00027461
Arnold, Faye | 0001 | MTC-00031566
Arnold, Gerald and Judith | 0001 | MTC-00002622
Arnold, Gerald and judith | 0001 | MTC-00009975
Arnold, John | 0001 | MTC-00007876
Arnold, John | 0003 | MTC-00008178
Arnold, Josh | 0001 | MTC-00016696
Arnold, Kenneth | 0002 | MTC-00027298
Arnold, Kevin L. | 0001 | MTC-00001363
Arnold, Oliver | 0001 | MTC-00012208
Arnold, Patricia | 0001 | MTC-00030990
Arnold, Perry | 0001 | MTC-00008742
Arnold, Ralph | 0001 | MTC-00001632
Arnold, Ralph | 0001 | MTC-00003555
Arnold, Sally | 0001 | MTC-00011728
Arnold, Troy | 0001 | MTC-00023774
Arnold, Virginia | 0001 | MTC-00033009
Arnold, William | 0001 | MTC-00003606
Arnold, Zach | 0001 | MTC-00004600
Arnold, Zach | 0001 | MTC-00002160
ArnoldFS@aol.com | 0001 | MTC-00005745
Arnow, Peter M. | 0001 | MTC-00001337
Arnstein, James | 0001 | MTC-00009250
Arnstein, James | 0001 | MTC-00007338
Arnstein, James | 0002 | MTC-00010324
Aroensch@aol.com | 0001 | MTC-00000086
Arona, Vincent | 0001 | MTC-00008578
Aronchick, David | 0001 | MTC-00017175
Arons, Tom | 0001 | MTC-00016676
Arora, Anvj | 0001 | MTC-00014990
Arora, Sunil K. | 0001 | MTC-00031762
arosen@microsoft.com | 0001 | MTC-00024272
Arral, Shaun | 0001 | MTC-00004890
Arral, Shaun | 0001 | MTC-00009889
Arral, Shawn | 0001 | MTC-00017162
Arras, John Robert | 0002 | MTC-00016145
Arrett, Richard A. | 0001 | MTC-00008163
Arrison, Sonia | 0003 | MTC-00024655
Arromdee, Ken | 0002 | MTC-00026956
Arroyo, Hector | 0001 | MTC-00019769
Ars, Clif | 0001 | MTC-00008504
Arsenalt, Chris | 0002 | MTC-00028301
Arszyla, Edward | 0003 | MTC-00009710
Art, David Henry | 0001 | MTC-00006047
Art-Frame@mac.com | 0002 | MTC-00003933
ART1300@webtv.net | 0001 | MTC-00012147
Arther, Kurt | 0002 | MTC-00001103
Arthur, Goerge | 0001 | MTC-00030203
arthurguay | 0001 | MTC-00025079
arthurguay | 0001 | MTC-00025114
Artiss, Frederic L. | 0001 | MTC-00009001
Artom-Ginzburg, Lionel | 0001 | MTC-00018159
Arumugham, Vinu | 0001 | MTC-00017945
Arundale, bob | 0001 | MTC-00031924
Arundell, Brian | 0001 | MTC-00003106
Arya, Kunal | 0002 | MTC-00014810
aryasara | 0001 | MTC-00012136
Asano, Robert J. | 0001 | MTC-00031239
Asbahr, Jason | 0001 | MTC-00012781
Asbury, Charles M. | 0001 | MTC-00008455
Asbury, Len | 0001 | MTC-00004111
aschlackman@nyc.rr.com | 0001 | MTC-00013454
Aseltine, Evelyn | 0001 | MTC-00012364
Ash | 0001 | MTC-00000138
Ash, Gabriel | 0002 | MTC-00019889
Ash, Hank | 0001 | MTC-00005640
Ash, Patrick | 0001 | MTC-00022332
Ashbaugh, james F. | 0001 | MTC-00007916
Ashbaugh, Rusty | 0001 | MTC-00027154
Ashberry, James | 0001 | MTC-00008633
Ashbrenner, Jane | 0001 | MTC-00007578
Ashby, Dave | 0001 | MTC-00028395
Ashby, R. Barry | 0001 | MTC-00030715
Ashe0McNalley, Cody | 0002 | MTC-00027505
Ashendorf, Linda | 0001 | MTC-00031360
Ashendorf, William and Levine, Phil | 0002 | MTC-00032081
Asher, Karen | 0002 | MTC-00000969
Asher, Walt | 0002 | MTC-00024745
Ashford, Paul | 0001 | MTC-00002658
Ashford, Paul | 0002 | MTC-00010670
Ashley, Allen | 0001 | MTC-00014861
Ashley, Beverly | 0001 | MTC-00017886
Ashley, David | 0001 | MTC-00016547
Ashley, Greg | 0001 | MTC-00032994
Ashmun, Ray | 0001 | MTC-00000823
Ashmun, Ray | 0001 | MTC-00004587
Ashton, Brenden | 0001 | MTC-00000536
Ashton, Scott | 0002 | MTC-00002649
Ashurst, Richard | 0002 | MTC-00029914
Ashwell, Jonathan | 0001 | MTC-00004454
Asiel | 0001 | MTC-00016956
Askam, Ralph | 0002 | MTC-00033674
Askam, Ralph | 0001 | MTC-00008062
Askman, Victor | 0001 | MTC-00022779
Asleson, Tony | 0001 | MTC-00015739
asmussen, Bob | 0002 | MTC-00007750
Aspinall, Neal | 0001 | MTC-00021072
aspinwall@btintimeny.com | 0001 | MTC-00024043
Asplund, Matthew | 0001 | MTC-00016486
Assal, Christina | 0001 | MTC-00020543
Association for Competitive Technology | 0042 | MTC-00027806
Astrom, Kenth | 0001 | MTC-00005285
AT0111211@aol.com | 0001 | MTC-00008985
Ata, John G. | 0001 | MTC-00029274
Atanasio, Irma | 0001 | MTC-00021206
Ataras, Bill | 0001 | MTC-00000542
Atchison, Clarence | 0001 | MTC-00032944
Atchison, Ryan | 0001 | MTC-00007111
Ates, Eva S. | 0001 | MTC-00026533
atg@pobox.com | 0001 | MTC-00013343
Athayde, John | 0002 | MTC-00023725
Atherton, Jay | 0001 | MTC-00005758
Atkeson, John | 0001 | MTC-00022030
Atkins, Chris | 0001 | MTC-00031163
Atkins, David | 0001 | MTC-00014425
Atkins, Jim | 0001 | MTC-00029689
Atkins, Matt | 0001 | MTC-00020013
Atkins, William D. | 0001 | MTC-00009463
Atkinson, Annaleah | 0001 | MTC-00013954
Atkinson, Cathy | 0001 | MTC-00008255
Atkinson, Dan | 0001 | MTC-00016998
Atkinson, Dan | 0001 | MTC-00026864
Atkinson, David | 0001 | MTC-00001454
Atkinson, Donald V. | 0001 | MTC-00006068
Atkinson, Roger | 0001 | MTC-00018226
Atkisson, Mary | 0001 | MTC-00015628
Atlas | 0001 | MTC-00023433
AToll1211@aol.com | 0001 | MTC-00012025
Attaway, James | 0001 | MTC-00022411
attilioserafini | 0001 | MTC-00014010
Attwood, Dave | 0001 | MTC-00003117
Atudorei, Tiberiv | 0001 | MTC-00014995
Atwater, Richard | 0001 | MTC-00033156
Atwood, Karen | 0001 | MTC-00001360
Atwood, Lorna | 0001 | MTC-00020725
Au, Peter | 0001 | MTC-00026623
aub-barb@juno.com | 0001 | MTC-00010430
Aubert, Nick | 0001 | MTC-00016542
Aubrey, George | 0001 | MTC-00007726
Aubuchon, Stephen | 0001 | MTC-00020895
Aubuchon, Stephen A. | 0001 | MTC-00020962
Auer, Anthony | 0001 | MTC-00025253
AUerbach, karl | 0002 | MTC-00011203
Auerbach, Scott | 0001 | MTC-00019461
Aufenkamp, Ernie | 0001 | MTC-00012040
Aufox, David | 0001 | MTC-00023379
Augenstein, Rob | 0001 | MTC-00012573
Augerstein, Rob | 0002 | MTC-00008151
August, John | 0001 | MTC-00016490
Augustine, Bradford | 0001 | MTC-00006127
Augustine, Chris | 0001 | MTC-00000370
Auld, Philip | 0001 | MTC-00016806
Aulenbacher, Dennis | 0001 | MTC-00006796
Aull, Luther | 0001 | MTC-00025431
Ault, Jim | 0001 | MTC-00023159
Aumack, Carol | 0001 | MTC-00014451
Aumerta, Albert | 0001 | MTC-00004088
Aunder, Charles | 0001 | MTC-00029643
Aune, Joshua | 0001 | MTC-00018492
Aunger, Charles | 0002 | MTC-00027185
Aunger, Mitch | 0001 | MTC-00024549
Auotin, James | 0004 | MTC-00033529
Auron, Jessie | 0001 | MTC-00008605
Ausbond, William L. | 0001 | MTC-00001858
Ausborn, Robert | 0002 | MTC-00012589
Ausen, Travis | 0001 | MTC-00019536
Ausley, Jody | 0002 | MTC-00032331
Aust, Peter | 0001 | MTC-00032060
Austin | 0001 | MTC-00018733
Austin, Allen | 0002 | MTC-00025577
Austin, C. | 0001 | MTC-00011975
Austin, Dave | 0001 | MTC-00001762
Austin, Dennis | 0001 | MTC-00026143
Austin, Forrest N. | 0001 | MTC-00018106
Austin, Gail | 0001 | MTC-00024945
Austin, James R. | 0004 | MTC-00027416
Austin, Kent | 0001 | MTC-00029672
Austin, Michael | 0001 | MTC-00022314
Austin, Myron | 0001 | MTC-00033711
Austin, R. | 0001 | MTC-00010393
Austin, Robert | 0001 | MTC-00012958
Austin, Toby | 0001 | MTC-00027023
Austraw, James D. | 0001 | MTC-00012348
Auth, Patrick | 0001 | MTC-00009862
Authier, Ronald G. | 0001 | MTC-00012131
auto29727@hushmail.com | 0001 | MTC-00000688
AVCS | 0001 | MTC-00009792
Avedisusa@att.net | 0001 | MTC-00008814
Avellanet, JEffrey | 0001 | MTC-00001598
Avena, Craig | 0001 | MTC-00011406
Aveni, Christopher | 0001 | MTC-00008407
Aveni, Thomas | 0001 | MTC-00022081
Averett, Gene | 0001 | MTC-00011086
Averill, Ron | 0001 | MTC-00032976
Averkiou | 0001 | MTC-00005885
Averkiou, Chris | 0001 | MTC-00013852
Avers, Christine E. | 0001 | MTC-00006624
Avey, Guy | 0001 | MTC-00006853
Avice, Michael | 0001 | MTC-00016850
Avila, Jeff | 0001 | MTC-00016904
Avila, Manuel H. | 0001 | MTC-00022914
Aviles, Ramon | 0002 | MTC-00019817
Avis, Melodie | 0001 | MTC-00033168
Avperrella@aol.com | 0001 | MTC-00008866
awilks@charter.net | 0001 | MTC-00014511
Axel, David | 0001 | MTC-00011419
Axley, Eric | 0001 | MTC-00022462
Axtell, TW | 0001 | MTC-00025667
Axton, Sam | 0001 | MTC-00028765
Ayala, David | 0001 | MTC-00008264
Ayala, Dietrich | 0001 | MTC-00003643
Aycock, Shannon | 0001 | MTC-00033866
Ayer, Amelia | 0001 | MTC-00025139
Ayers, Andrew | 0003 | MTC-00003725
Ayers, Edward J. | 0001 | MTC-00020262
Ayers, Janis | 0001 | MTC-00023387
Ayers, Linda | 0001 | MTC-00032706
Ayers, Marilyn | 0001 | MTC-00029555
Ayers, Roger | 0001 | MTC-00004501
Aymsley | 0001 | MTC-00001406
Ayre, Henry | 0001 | MTC-00032841
Azadian, Norman | 0001 | MTC-00004049
azadoks@aol.com | 0001 | MTC-00028200
Azaroff, Andre | 0001 | MTC-00010844
AznGuy7758@aol.com | 0002 | MTC-00004042
AZwolak, Jason | 0001 | MTC-00015691
Azzara, Todd | 0001 | MTC-00024812
Azzolina, Phil | 0001 | MTC-00024896
B'Hymer, Clayton | 0001 | MTC-00006956
B. Jeff | 0001 | MTC-00004975
B., Matt | 0001 | MTC-00027206
Baakkonen, Rodney | 0001 | MTC-00024215
Baanante, Carlos A. | 0001 | MTC-00011600
Babajules@aol.com | 0001 | MTC-00029258
Babbitt, Jerry | 0001 | MTC-00022702
Babcock, Jon | 0001 | MTC-00002486
Babcock, Larry | 0001 | MTC-00005095
Babcock, Nathan | 0002 | MTC-00008919
Babcock, Robert | 0003 | MTC-00031575
Babercheck, Thomas | 0001 | MTC-00031196
Babiak, Pedro E. | 0001 | MTC-00030726
Babich, Thomas | 0001 | MTC-00020644
Babil, Normande | 0001 | MTC-00001145
Babo, Don | 0001 | MTC-00009968
Babock, James | 0001 | MTC-00033137
Babu, Immanuel | 0001 | MTC-00004738
Bacarella, Michael | 0001 | MTC-00000530
Baccus, Erin | 0001 | MTC-00013413
Bace, Chuck | 0001 | MTC-00013487
Bach, James | 0002 | MTC-00008933
Bach, Steven | 0001 | MTC-00004711
Bacher, David | 0002 | MTC-00025379
Bachleda, David | 0001 | MTC-00014877
Bachmann, Andrew | 0002 | MTC-00009085
Bachmann, Jeremiah | 0001 | MTC-00018224
Bachmann, Mary | 0001 | MTC-00028500
Backes, Michael | 0002 | MTC-00027592
Backman, Ron | 0001 | MTC-00023917
Backman, Will | 0001 | MTC-00015720
Backs, Joanne | 0001 | MTC-00027829
Backstrom, Kent W. | 0001 | MTC-00013618
Backus, Melvin | 0001 | MTC-00015006
Backus, Walter | 0001 | MTC-00025443
Bacon, Brian | 0001 | MTC-00022616
Baczynski, Marcia | 0001 | MTC-00016378
Baden, Toby | 0002 | MTC-00000582
Badger, Albert A. | 0001 | MTC-00003928
Badin, Capucine | 0001 | MTC-00000683
Baecher, Elizabeth R. | 0001 | MTC-00007820
Baecker, Margaret | 0001 | MTC-00008558
Baehr, Richard | 0001 | MTC-00005897
Baer, Troy | 0003 | MTC-00017953
Baeseman, Cliff | 0001 | MTC-00015523
Baffoni, Michael | 0001 | MTC-00002799
Bagbey, Francis | 0002 | MTC-00033255
Bagby, Jon | 0001 | MTC-00027703
Bager, James | 0001 | MTC-00016253
Baggarley, Richard | 0001 | MTC-00004403
Baggett, Brad | 0001 | MTC-00017595
Baggett, Douglas | 0001 | MTC-00002718
Baggett, Eric T. | 0001 | MTC-00009577
Baggrely, Richard | 0001 | MTC-00001385
Baghaii, Sepideh | 0001 | MTC-00032698
bagher—sarabi@hotmail.com | 0001 | MTC-00014577
Bagierek, Katy | 0001 | MTC-00012867
Bagley, B. | 0001 | MTC-00000038
Bagley, Rick | 0001 | MTC-00029990
Bagnell, Byron | 0001 | MTC-00020768
Bagwell, Ckiford | 0001 | MTC-00030201
Bagwell, Roger | 0001 | MTC-00028070
Bahn, Charles | 0001 | MTC-00020945
Bahr, Carman B. | 0001 | MTC-00006682
Bahr, Hubert | 0001 | MTC-00003235
Baietto, Jason | 0002 | MTC-00026490
Bailey, Belinda K. | 0001 | MTC-00007489
Bailey, Bettye | 0001 | MTC-00028966
Bailey, Bruce | 0001 | MTC-00004098
Bailey, Catherine | 0001 | MTC-00010997
Bailey, E. Jerry | 0003 | MTC-00026492
Bailey, Eric | 0001 | MTC-00001585
Bailey, Eric | 0002 | MTC-00013426
Bailey, Jason | 0001 | MTC-00025072
Bailey, Jason | 0002 | MTC-00016399
Bailey, Jocelynn | 0001 | MTC-00021935
Bailey, Jocelynn | 0001 | MTC-00011742
Bailey, Kendall | 0001 | MTC-00003379
Bailey, Kevin | 0001 | MTC-00024429
Bailey, Lois | 0001 | MTC-00006973
Bailey, Mark | 0001 | MTC-00022532
bailey, Phil | 0001 | MTC-00007541
Bailey, Roger | 0002 | MTC-00023317
Bailey, Roger | 0002 | MTC-00023315
Bailey, Ron | 0001 | MTC-00021033
Bailey, Ruffin | 0001 | MTC-00028784
Bailey, Sandra | 0001 | MTC-00011909
Bailey, Timothy | 0002 | MTC-00014169
Bailey, Trey | 0001 | MTC-00005940
Bailey-Kellog, Chris | 0001 | MTC-00015380
Baily, Nick | 0001 | MTC-00012924
Bain, Daniel | 0001 | MTC-00014069
Bain, James | 0001 | MTC-00028985
Bain, Robert | 0001 | MTC-00020193
Bainbridge, Robert P. | 0001 | MTC-00027495
bair, Gregg | 0001 | MTC-00029154
Bair, Mike | 0001 | MTC-00002648
Bairamian, A. | 0001 | MTC-00005399
Bairamian, A. | 0001 | MTC-00007734
Baird, Ann | 0001 | MTC-00029503
Baird, Aron | 0001 | MTC-00004029
Baird, Charles | 0001 | MTC-00031979
Baird, Earle J. | 0001 | MTC-00006332
Baird, Francis E. | 0001 | MTC-00030185
Baird, Howard | 0001 | MTC-00013270
Baird, Michael | 0001 | MTC-00000757
Baird, Roger | 0001 | MTC-00007760
Baird, Scot | 0001 | MTC-00015609
Baird, Stanley | 0001 | MTC-00021485
Bairnsfather, Andrew C. | 0004 | MTC-00009519
Baitalmal, Ahmad | 0001 | MTC-00019246
Baitinger, John | 0001 | MTC-00010085
Baitinger, John sr. | 0001 | MTC-00032548
Baj, Gerald P. | 0001 | MTC-00001559
Baka, Shaun | 0001 | MTC-00003768
Baker, Bennett C. | 0001 | MTC-00015458
Baker, Bill | 0001 | MTC-00021580
Baker, Bill | 0001 | MTC-00027877
Baker, Bill | 0002 | MTC-00021614
Baker, Bryan | 0002 | MTC-00020052
Baker, Carl | 0001 | MTC-00002828
Baker, Charles | 0001 | MTC-00032681
baker, Dewitt Clinton | 0001 | MTC-00006842
Baker, Don G. | 0001 | MTC-00030502
Baker, Fred | 0001 | MTC-00017674
Baker, Gary | 0001 | MTC-00020759
Baker, Greg | 0002 | MTC-00014994
Baker, Greg | 0001 | MTC-00004506
Baker, Jack | 0001 | MTC-00020164
Baker, Jacob | 0002 | MTC-00032154
Baker, James H. | 0001 | MTC-00007697
Baker, James W. | 0001 | MTC-00007405
Baker, James W. | 0001 | MTC-00013445
Baker, John | 0001 | MTC-00013652
Baker, John & Janet | 0001 | MTC-00030368
Baker, John & Janet | 0001 | MTC-00030353
Baker, John L. | 0001 | MTC-00014788
Baker, Kathy | 0001 | MTC-00008952
Baker, Kelly | 0001 | MTC-00011723
Baker, Kelly | 0001 | MTC-00002220
Baker, Ken | 0001 | MTC-00016534
Baker, Kevin | 0001 | MTC-00015615
Baker, Linda | 0001 | MTC-00027117
Baker, Lon | 0001 | MTC-00011104
Baker, Mark | 0001 | MTC-00029251
Baker, Mary | 0001 | MTC-00012951
Baker, Mike | 0001 | MTC-00014026
Baker, Mitchell | 0002 | MTC-00027390
Baker, Paul | 0001 | MTC-00020973
Baker, Rex | 0002 | MTC-00031797
Baker, Ron | 0001 | MTC-00025217
Baker, Ross | 0001 | MTC-00004215
Baker, Shane | 0001 | MTC-00018486
Baker, Steve | 0002 | MTC-00023750
baker, Stewart | 0001 | MTC-00023467
Baker, Timothy | 0001 | MTC-00031376
Baker, Timothy B. | 0001 | MTC-00012344
Bakerla, Mike | 0001 | MTC-00015565
Bakes, David | 0001 | MTC-00012565
Bakhas, Stephane | 0001 | MTC-00019960
Bakhaus, Robert | 0002 | MTC-00032878
Bakhtiari, Shadi | 0002 | MTC-00031675
Bakken, Bridget | 0001 | MTC-00007161
Bakker, ANdr | 0001 | MTC-00013956
Bakker, Andre | 0001 | MTC-00003204
Bakstad, Daniel | 0001 | MTC-00032881
Bakstran, Annette | 0001 | MTC-00011554
Baky'r, Goskin | 0001 | MTC-00023999
Balakrishnan, Malini | 0001 | MTC-00012071
Balalrd, Tom B. | 0001 | MTC-00014787
Balanesi, Teresa | 0001 | MTC-00023564
Balar53@aol.com | 0001 | MTC-00008329
Balbona, Joe | 0001 | MTC-00000126
Balbona, Joe | 0001 | MTC-00002522
Balboni, Henry | 0001 | MTC-00030778
Balckwell, Keith | 0001 | MTC-00015533
Balcom, John | 0001 | MTC-00031635
Bald Man | 0001 | MTC-00018752
Baldasare, Michael | 0001 | MTC-00030081
Baldavzi, Daiana | 0001 | MTC-00001122
Baldwin, Alexander | 0001 | MTC-00016537
Baldwin, Andrew | 0003 | MTC-00005117
Baldwin, Claude | 0002 | MTC-00030710
Baldwin, Lloyd | 0001 | MTC-00020418
Baldwin, Mike | 0001 | MTC-00022302
Baldwin, Mike | 0001 | MTC-00022289
Baldwin, Newell | 0001 | MTC-00022415
Baldwin, Ron | 0002 | MTC-00027429
Bale, Dwight | 0001 | MTC-00004249
Bale, Dwight | 0001 | MTC-00005148
Bales, Bruce | 0001 | MTC-00002977
Bales, Donald W. | 0001 | MTC-00021118
Bales, Jennifer | 0001 | MTC-00001325
Balfour, Scott | 0001 | MTC-00020092
Bali, Pawan | 0001 | MTC-00010991
Balian, Rick | 0001 | MTC-00002206
Balian, Rick | 0001 | MTC-00028426
Balicki,Jason | 0001 | MTC-00015234
Balister, Philip | 0001 | MTC-00015904
Balke, Bob | 0001 | MTC-00006136
Ball Euel | 0001 | MTC-00013845
Ball, Allen | 0001 | MTC-00021777
Ball, Andrew | 0002 | MTC-00017010
Ball, Anne | 0001 | MTC-00010152
Ball, Barbara | 0001 | MTC-00009369
Ball, Barbara | 0001 | MTC-00009367
Ball, Barbara I | 0001 | MTC-00033623
Ball, Francesca | 0001 | MTC-00008959
Ball, Gilbert | 0001 | MTC-00020897
Ball, Jay | 0002 | MTC-00016138
Ball, Jerry | 0001 | MTC-00022603
Ball, Mark | 0001 | MTC-00033432
Ball, Mark | 0001 | MTC-00033247
Ball, Mark | 0001 | MTC-00033429
Ball, Robert J. | 0001 | MTC-00027041
Ballance, Emily | 0001 | MTC-00031254
Ballantyne, Ian | 0002 | MTC-00004235
Ballard Bob | 0001 | MTC-00006571
Ballard, Jeff | 0001 | MTC-00007868
Ballard, John | 0001 | MTC-00012435
Ballard, Richard | 0001 | MTC-00028675
Ballard, Scot | 0001 | MTC-00025258
Ballard, Scot | 0002 | MTC-00003600
Ballard, Stonewall | 0001 | MTC-00001801
Balle, Maya | 0001 | MTC-00030174
Ballenthin, John O. | 0001 | MTC-00020485
Ballertime, John D. III | 0001 | MTC-00016356
Ballesteros, Humberto | 0001 | MTC-00014117
Ballew, Lawrence | 0001 | MTC-00026464
Ballew, Roger | 0001 | MTC-00030277
Ballin, Matthew | 0001 | MTC-00008175
Ballinger, Alvina A. | 0001 | MTC-00006251
Balloonz2u@aol.com | 0001 | MTC-00007911
Ballweber, Robert | 0001 | MTC-00028637
Balok, Larry | 0001 | MTC-00013719
Balok, Larry | 0001 | MTC-00026493
Balsam, Jack | 0001 | MTC-00023326
Balsamini, David | 0001 | MTC-00001126
Balsinger, Frank | 0001 | MTC-00004207
Balsley, Linda | 0001 | MTC-00013633
Balter, Craig | 0001 | MTC-00011839
Balthaser, Jacqueline M. | 0001 | MTC-00006458
Balts, David | 0002 | MTC-00010497
Baltz, Patrick | 0001 | MTC-00020371
Balzer, Ben and Jane | 0001 | MTC-00026214
Bamert, Bill | 0001 | MTC-00021709
Bamford, Bobbie | 0001 | MTC-00008526
Bamford, Bobbie | 0001 | MTC-00013111
Bamford, Bobbie | 0001 | MTC-00026905
Bamrick, Bob and Helen | 0002 | MTC-00014035
Ban, Roger | 0001 | MTC-00031397
Bance, Dan | 0001 | MTC-00000197
Bancroft, Larry | 0001 | MTC-00008470
Bandlow, James | 0001 | MTC-00000230
Bane, Lee | 0001 | MTC-00004553
Bane, Rita | 0002 | MTC-00031410
Bane, Rita | 0001 | MTC-00031318
Bane, Robert | 0001 | MTC-00015896
Banet, Michael | 0001 | MTC-00003962
Baney, Michael | 0001 | MTC-00007181
Banfe, Nick | 0001 | MTC-00027573
Banford, Yvonne | 0001 | MTC-00007413
bangojoco@msn.com | 0001 | MTC-00014666
Banister, Murray | 0001 | MTC-00002365
Bank, Brian | 0001 | MTC-00031941
Bank, Thomas | 0002 | MTC-00004932
Bankenbush, Frank | 0001 | MTC-00009289
Banker, Sebastian | 0001 | MTC-00015503
Banks, David | 0001 | MTC-00031706
Banks, Debra L. | 0001 | MTC-00028750
Banks, Marc W. | 0001 | MTC-00029779
Banna, Waji | 0001 | MTC-00031589
Bannan, Joe and Betty | 0001 | MTC-00025954
Bannazedeh, Arash | 0001 | MTC-00003120
Bannon, Stephen J. | 0001 | MTC-00009619
Bannow, Nathan | 0001 | MTC-00018370
Banuk, Garrett | 0001 | MTC-00015083
Banyacki, Michael E. | 0001 | MTC-00006213
Baoon, Cathy | 0001 | MTC-00030486
Baptist, Debra | 0001 | MTC-00013732
Baqueiro, Alfonso | 0001 | MTC-00004879
Baquero, Edgar | 0001 | MTC-00009310
bar121@aol.com | 0001 | MTC-00001107
Barak | 0001 | MTC-00019607
Baran, Ed | 0001 | MTC-00031694
Baran, Michael S. | 0001 | MTC-00023181
Baraneetharan | 0001 | MTC-00005243
baranmj | 0001 | MTC-00021370
Baranowski, John | 0001 | MTC-00019424
Barat, Jerome B. | 0001 | MTC-00027241
Barattucci, Marie | 0001 | MTC-00027289
Barb, C. E. | 0001 | MTC-00029627
Barba, Edward S. | 0011 | MTC-00030893
Barba, Susan | 0001 | MTC-00008207
Barba, Susan | 0001 | MTC-00033713
Barba, Susan V. | 0001 | MTC-00006680
Barback, David | 0001 | MTC-00012609
Barbara | 0001 | MTC-00019664
Barbara | 0001 | MTC-00019685
Barbara, David | 0001 | MTC-00019841
Barber, Alvin | 0002 | MTC-00033106
Barber, Stephen | 0002 | MTC-00025344
Barbercheck, Thomas J. | 0001 | MTC-00008736
Barbetti, Susan | 0001 | MTC-00011778
Barbieri, R. Douglas | 0001 | MTC-00011189
barbn063200@aol.com | 0001 | MTC-00026435
Barbo, Roger | 0001 | MTC-00007093
Barbour, Charles | 0003 | MTC-00014362
Barcelona, Martin | 0001 | MTC-00025754
barchasl@msn.com | 0001 | MTC-00028082
Barclay, Abbott | 0001 | MTC-00008038
Barclay, Thomas | 0011 | MTC-00009825
Barclay, Thomas M | 0010 | MTC-00033717
Bardal, Harry | 0001 | MTC-00002016
Bardeen, Matt | 0002 | MTC-00024004
Barden, Jerome C. | 0001 | MTC-00026832
Barder, David R. | 0001 | MTC-00016388
Bardes, Bruce | 0001 | MTC-00002403
Bardl, Harry | 0002 | MTC-00010282
Bardusch, Ted | 0001 | MTC-00018008
Bare, Chris | 0001 | MTC-00019027
Bare, Christopher | 0001 | MTC-00018656
Bare, Heather G. | 0001 | MTC-00011597
Barfield, Glenn | 0001 | MTC-00014641
Barfoot, James | 0001 | MTC-00032988
Barganna, Nate | 0002 | MTC-00027091
Barge, Joe | 0001 | MTC-00003658
Barge, Robert H, Jr. | 0001 | MTC-00022560
Barge, Robert H. | 0001 | MTC-00001015
Barger, Jamew | 0001 | MTC-00013363
Barger, Jeff | 0002 | MTC-00016714
Barger, Richard w. | 0002 | MTC-00031560
Bargiel, Ryszard | 0001 | MTC-00023807
Bargmeyer, Alan | 0001 | MTC-00010262
Barholomew, Constance | 0001 | MTC-00012503
Baribault, Gary | 0001 | MTC-00002830
Baringer, Marco | 0001 | MTC-00014926
Barisa, Joe | 0001 | MTC-00001822
Barisa, Joe | 0001 | MTC-00001986
Barkan, Victoria | 0002 | MTC-00027900
Barker, Granville | 0001 | MTC-00023469
Barker, Philip | 0002 | MTC-00009568
Barker, Raymond L. | 0002 | MTC-00029791
Barker, Wayne | 0002 | MTC-00016233
Barkerm Matthew | 0001 | MTC-00019268
Barkley, Jim | 0001 | MTC-00015584
Barkman, Jacob J. | 0001 | MTC-00010160
Barksdale, Edwin | 0001 | MTC-00029760
Barkus, Rodger | 0001 | MTC-00029265
Barline, John | 0001 | MTC-00011561
Barling, Roy | 0001 | MTC-00027856
Barlow, Donald E. | 0003 | MTC-00028489
Barlow, Jim | 0002 | MTC-00019820
Barmon, Matthew | 0001 | MTC-00019011
Barnard, Tom | 0001 | MTC-00011451
Barne, Darlene | 0001 | MTC-00030787
Barnes, Alex | 0001 | MTC-00000134
Barnes, Bill | 0001 | MTC-00029872
Barnes, Douglas | 0012 | MTC-00016095
Barnes, Erin | 0001 | MTC-00027819
Barnes, Greg | 0004 | MTC-00014442
Barnes, Jeffrey | 0001 | MTC-00007293
Barnes, Michael | 0001 | MTC-00003594
Barnes, Michael | 0001 | MTC-00019121
Barnes, Oliver | 0001 | MTC-00025019
Barnes, Phillip | 0001 | MTC-00013846
Barnes, Richard | 0002 | MTC-00006351
Barnes, Robert | 0001 | MTC-00012486
Barnes, Stan | 0002 | MTC-00020746
Barnes, Steve | 0001 | MTC-00009138
Barnes, Steven | 0001 | MTC-00024604
Barnett, Douglas Allen, Jr. | 0003 | MTC-00024049
Barnett, George | 0001 | MTC-00010948
Barnett, Jeryl | 0001 | MTC-00028414
Barnett, Kay | 0001 | MTC-00006095
Barnett, Phil | 0002 | MTC-00020024
Barnett-Lewis, William | 0001 | MTC-00022055
Barney, Bill | 0001 | MTC-00025540
Barney, Jack | 0001 | MTC-00027485
Barney, Jack | 0001 | MTC-00033554
Barney, Joshua | 0002 | MTC-00009972
barney13@mindspring.com | 0001 | MTC-00028235
barney@kaarmls.com | 0001 | MTC-00024246
Barnhart, Bill | 0002 | MTC-00010966
Barnhart, Bill | 0001 | MTC-00031399
Barnhart, Jef | 0001 | MTC-00016612
Barnhart, Jeffrey | 0001 | MTC-00029654
Barnhart, Robert | 0001 | MTC-00026644
Barnhill, William David | 0001 | MTC-00022150
Barnum, Richard | 0002 | MTC-00000367
Barnum, Sam | 0001 | MTC-00001255
barny.lesley@jandm mortgage .com | 0001 | MTC-00017333
Baron, Elmer F. | 0001 | MTC-00025296
Baron, Julie | 0001 | MTC-00008066
Baron, Werner | 0001 | MTC-00010361
Barone, Larry | 0002 | MTC-00026234
Barone, Matthew | 0001 | MTC-00021211
Barov, Nikolai | 0001 | MTC-00017781
Barow, Bernard | 0001 | MTC-00007141
Barr, Chester | 0002 | MTC-00030684
Barr, Chris | 0001 | MTC-00004929
Barr, Chris | 0001 | MTC-00022309
Barr, Herbert A. | 0001 | MTC-00008210
Barr, Joe | 0001 | MTC-00010938
Barr, Joe | 0002 | MTC-00027217
Barr, Matthew | 0001 | MTC-00023434
Barr, Terrence | 0002 | MTC-00002133
Barr, Terrence | 0002 | MTC-00011272
Barr, Travis | 0002 | MTC-00027364
Barraclough, Marjorie | 0002 | MTC-00033489
Barreiro, Marcelo | 0001 | MTC-00008965
Barren, Donnie | 0001 | MTC-00007812
Barrera, Jorge | 0002 | MTC-00025336
Barrere, Dean | 0001 | MTC-00027764
Barret, Erwan | 0001 | MTC-00020436
Barrett, Bradford | 0001 | MTC-00029239
Barrett, Charles | 0001 | MTC-00012057
Barrett, Damien | 0001 | MTC-00027004
Barrett, Harry | 0001 | MTC-00018117
Barrett, Jesse | 0001 | MTC-00022758
Barrett, Johnny | 0001 | MTC-00004817
Barrett, Mike | 0002 | MTC-00023504
Barrett, Myles | 0001 | MTC-00020182
Barrett, Myrna M. | 0001 | MTC-00026537
Barrett, Richard | 0001 | MTC-00023081
Barrett, STacy | 0001 | MTC-00025058
Barrie, Bryce | 0001 | MTC-00024481
Barrilleaux, Charles | 0001 | MTC-00015125
Barrington, Mike | 0001 | MTC-00000104
Barrington, Stephen | 0001 | MTC-00033730
Barrington, William | 0001 | MTC-00032904
Barrm644@aol.com | 0001 | MTC-00008966
Barron, Becky | 0002 | MTC-00009971
Barron, Oz | 0002 | MTC-00001424
Barron, Patrick | 0001 | MTC-00031753
Barrow, Jim | 0001 | MTC-00013272
Barrow, Lori | 0001 | MTC-00031496
Barrows, Ames | 0001 | MTC-00003796
Barrows, Christopher | 0002 | MTC-00002476
Barrs, Al | 0001 | MTC-00016417
Barrus, Andy | 0001 | MTC-00001522
Barry, Byron | 0001 | MTC-00001573
Barry, Edward L. | 0001 | MTC-00012130
Barry, John | 0001 | MTC-00006787
Barry, Michael | 0001 | MTC-00012529
Barry, Steven H. | 0003 | MTC-00002063
barrydbloom@hotmail.com | 0001 | MTC-00024793
Barsano, Edward | 0001 | MTC-00026347
Barsano, Edward | 0001 | MTC-00028223
Barsic, Paul H. | 0002 | MTC-00026811
Barson, Richard | 0001 | MTC-00017776
Barsotti, Joel | 0001 | MTC-00024371
Barstow, Alix | 0001 | MTC-00029280
Bart Grantham | 0002 | MTC-00019749
Bart, Jack | 0002 | MTC-00031483
Bartels, Willliam | 0001 | MTC-00022575
Barth, Geo | 0001 | MTC-00023198
Barth, Kevin | 0002 | MTC-00001254
Barth, Paul F. | 0001 | MTC-00006265
Barth, Paul F. | 0001 | MTC-00012417
Barthel, Dan | 0003 | MTC-00025955
Barthole, Carol | 0001 | MTC-00000964
Bartholomew, Andrew S. | 0001 | MTC-00024096
Bartholomew, Austin | 0001 | MTC-00031511
Bartholomew, Gary A. | 0005 | MTC-00006301
Bartilson, Roger | 0001 | MTC-00032765
Bartkowiak, Michael | 0001 | MTC-00024126
Bartle, Mirin and Thomas | 0001 | MTC-00013706
Bartleman, Tim | 0007 | MTC-00014296
Bartlett, Aaron J. | 0003 | MTC-00000166
Bartlett, Avery | 0001 | MTC-00024904
Bartlett, David | 0001 | MTC-00032828
Bartlett, Homer | 0001 | MTC-00019061
Bartley, Eugene | 0001 | MTC-00019927
Bartley, Michael | 0001 | MTC-00028453
Bartley, Nelson | 0001 | MTC-00022059
Barto, David | 0001 | MTC-00013339
Barto, David | 0001 | MTC-00001557
Barto, Michael | 0001 | MTC-00001754
Bartol, Jacqueline | 0001 | MTC-00030549
Barton, Brett | 0002 | MTC-00017555
Barton, Doran L. | 0001 | MTC-00003644
Barton, Earl | 0001 | MTC-00025490
Barton, Pam | 0002 | MTC-00033093
Barton, Ray | 0002 | MTC-00033094
Barton, Richard | 0001 | MTC-00029441
Barton, Scott | 0001 | MTC-00009125
Barton, T. | 0001 | MTC-00003309
Barton, Tin | 0001 | MTC-00027472
Bartorillo, Sebatian | 0001 | MTC-00030236
Bartsch, Win | 0001 | MTC-00007977
Bartucci, John | 0001 | MTC-00011533
Bartucz, Tanya | 0001 | MTC-00028699
Bartucz, Tonya | 0005 | MTC-00030070
Bartz, Bill R. | 0001 | MTC-00025994
Bartz, Scott | 0001 | MTC-00002313
Baruch, Robert | 0002 | MTC-00017167
Baruz, Allan | 0001 | MTC-00024552
Barzal, Walter | 0001 | MTC-00007406
barzelay, David | 0001 | MTC-00018808
Basart, L.M. | 0001 | MTC-00024396
Basham, John | 0001 | MTC-00007880
Basham, John | 0001 | MTC-00031555
Basham, Phil | 0001 | MTC-00008869
Basham, Timothy E. | 0001 | MTC-00015552
Bashniski, Jerome | 0001 | MTC-00005263
Bashor, Philip | 0002 | MTC-00026358
Bashor, Phillip | 0002 | MTC-00015748
Basinger, Caleb | 0001 | MTC-00024871
Basista, Shirley | 0001 | MTC-00024508
Baska, Lezlie | 0001 | MTC-00013258
Baska, Lezlie | 0001 | MTC-00009807
Baskett, Ferol and Joan | 0002 | MTC-00033440
Baskett, Jean | 0001 | MTC-00025141
Baskette, John | 0001 | MTC-00019328
Baskin, Jim | 0001 | MTC-00008689
Baskin, Bree | 0002 | MTC-00018554
Baskin, Maureen | 0002 | MTC-00028836
Basler, Dave | 0001 | MTC-00020030
Basquez, Gene | 0001 | MTC-00029630
Bass, Brandon | 0001 | MTC-00023445
Bass, Edward C. | 0001 | MTC-00007355
Bass, Jack | 0001 | MTC-00012700
Bass, Matthew | 0002 | MTC-00020121
Bass, Robert | 0001 | MTC-00007049
Bass, Tay | 0001 | MTC-00004258
Bass, Thomas J. | 0001 | MTC-00003642
Bass, WIllard | 0001 | MTC-00009943
Bassett, Keith B. | 0002 | MTC-00024449
Bassett, Paul | 0003 | MTC-00010244
Bassett-Bishop, Ivory M. | 0002 | MTC-00009649
Basso, Daniel R. | 0001 | MTC-00009899
Bast, Joseph | 0004 | MTC-00013362
Bast, Noah | 0001 | MTC-00015826
Bastille, Derek | 0002 | MTC-00017902
Baston, Darcy | 0001 | MTC-00013328
Baston, Darcy | 0001 | MTC-00002043
Basubacher, Peter | 0001 | MTC-00030112
Batchelder, Michael | 0001 | MTC-00027481
Batchelder, Michael | 0001 | MTC-00033553
Batchelder, Orvella | 0001 | MTC-00026538
Batchellor, Gary | 0001 | MTC-00003848
Batdorf, Linda | 0001 | MTC-00012960
Batdorf, Linda | 0001 | MTC-00021685
Bateman, Charles A. | 0001 | MTC-00014781
Bateman, Gerald | 0001 | MTC-00023780
Bates, Don | 0001 | MTC-00012157
Bates, Joe | 0001 | MTC-00021702
Bates, John | 0001 | MTC-00006025
Bates, Lawrence A. | 0001 | MTC-00013767
Bates, Marion | 0002 | MTC-00018563
Bates, Shirley | 0001 | MTC-00026983
Bates, Simmon | 0001 | MTC-00027623
Bates, Susan | 0001 | MTC-00028068
Batson, Marguarite | 0001 | MTC-00008627
Battick, John | 0001 | MTC-00025691
Battle, David | 0001 | MTC-00015082
Battle, Michael | 0002 | MTC-00018885
Battle, Mike | 0001 | MTC-00000535
Battrick, Dennis | 0001 | MTC-00011925
Batty, Aaron | 0001 | MTC-00012537
batvomit | 0001 | MTC-00026985
Bauch, Helen | 0002 | MTC-00028360
Bauchspies, Roger | 0002 | MTC-00002308
Baudrand, Donald | 0001 | MTC-00005775
Bauer, Adam | 0002 | MTC-00024403
Bauer, Brad | 0001 | MTC-00004178
Bauer, Brian A. | 0001 | MTC-00023415
Bauer, Dave | 0001 | MTC-00016803
Bauer, Donald | 0001 | MTC-00028528
Bauer, Edwar | 0001 | MTC-00026366
Bauer, G. | 0001 | MTC-00006061
Bauer, James | 0001 | MTC-00007964
Bauer, James E. | 0001 | MTC-00003943
Bauer, Jim | 0001 | MTC-00023587
Bauer, Larry | 0001 | MTC-00024036
Bauer, Michael | 0001 | MTC-00016087
Bauer, Raymond | 0002 | MTC-00032510
Bauer, Rick | 0001 | MTC-00031266
Bauer, Will | 0001 | MTC-00024078
Bauermeister, Rick | 0001 | MTC-00033723
Bauguss, Josh | 0002 | MTC-00018089
Bauhann, Maurice | 0001 | MTC-00002908
Baum, Bob | 0002 | MTC-00032016
Baum, Mark Adam | 0002 | MTC-00018849
Bauman, Don | 0001 | MTC-00002307
Bauman, Frederick | 0001 | MTC-00027084
Bauman, Nick | 0002 | MTC-00018253
Baumann, James | 0001 | MTC-00020437
Baumann, Richard H. | 0001 | MTC-00009957
Baumbaugh, Barry | 0001 | MTC-00011277
Baumgart, David | 0001 | MTC-00011231
Baumgartner, Brian | 0002 | MTC-00032833
Bauno, Simone | 0001 | MTC-00005968
Baur, David | 0002 | MTC-00011352
Baur, Ralph | 0001 | MTC-00007846
Bausinger, Oliver | 0001 | MTC-00004914
Baxley, Nate | 0001 | MTC-00015259
Baxley, Randall | 0001 | MTC-00029797
Baxter, Chris | 0001 | MTC-00015349
Baxter, Frank | 0001 | MTC-00010896
Baxter, Ivan | 0001 | MTC-00012722
Baxter, Jim | 0001 | MTC-00007248
Baxter, Lincoln A. | 0001 | MTC-00003077
Baxter, Michael | 0001 | MTC-00000835
Baxter, Michael | 0001 | MTC-00000839
Baxter, Pete | 0002 | MTC-00013787
Bay-Ramyon, Richard | 0001 | MTC-00020866
Bayer, Christian | 0001 | MTC-00004993
Bayer, Christian | 0001 | MTC-00010842
Bayer, Christine | 0001 | MTC-00000329
Bayer, Clete | 0001 | MTC-00011450
Bayer, Jeff | 0001 | MTC-00028143
Bayer, Ken | 0001 | MTC-00026521
Bayer, Richard | 0001 | MTC-00029788
Bayer, Samuel | 0001 | MTC-00018293
Bayes, Joe | 0001 | MTC-00017989
Baylor, Bradford | 0001 | MTC-00021104
Bayly, Andrew | 0002 | MTC-00001972
Baysinger, Geoff | 0001 | MTC-00018651
Baystings, Ray | 0001 | MTC-00004765
Bazaj, Suresh | 0002 | MTC-00019085
Bazzani, Nicholas | 0002 | MTC-00003380
bbeckman@gdinet.com | 0001 | MTC-00010444
bboam@infowest.com | 0001 | MTC-00028435
bbradley@cybersol.com | 0001 | MTC-00012746
bch1229@aol.com | 0001 | MTC-00024234
Bcook10707@aol.com | 0002 | MTC-00027361
bcschnabel@juno.com | 0001 | MTC-00010928
bcyburt@acromag.com | 0001 | MTC-00024288
Bdenziger, Mark | 0001 | MTC-00029486
bdog@emptychair.net | 0001 | MTC-00010934
BDS4530@aol.com | 0001 | MTC-00007947
bduke | 0001 | MTC-00025179
Beach, Joe | 0002 | MTC-00000642
Beachmann4@aol.com | 0001 | MTC-00024050
Beachy, Chris | 0001 | MTC-00015288
Beagley, Alan | 0001 | MTC-00018025
Beahm, David | 0001 | MTC-00022386
Beal, Carrie | 0001 | MTC-00001426
Beal, Jim | 0001 | MTC-00023299
Beal, Ken | 0002 | MTC-00019133
Beal, Raymond | 0001 | MTC-00029812
Beales, J. | 0001 | MTC-00006962
Beales, James A.G. III | 0002 | MTC-00031454
Beall, Gus | 0001 | MTC-00032647
Beals, John D. | 0001 | MTC-00012974
Beam, Harold | 0001 | MTC-00032863
Beam, Jim | 0001 | MTC-00015191
Beaman, Arthur | 0002 | MTC-00033231
Beamon, John | 0002 | MTC-00016092
Bean, Gary | 0001 | MTC-00029897
Bean, Gary A. | 0001 | MTC-00030490
Bean, Jeffrey | 0001 | MTC-00031887
Bean, Richard C. | 0001 | MTC-00008075
Bean, Sonnia | 0002 | MTC-00033179
Beane, Scott | 0001 | MTC-00002810
Beard, Homer | 0002 | MTC-00031844
Beard, Kelly | 0001 | MTC-00018774
Beard, Leonard | 0001 | MTC-00029715
Beard, Richard | 0001 | MTC-00002553
Beard, Richard | 0001 | MTC-00026897
Beard, Steven | 0002 | MTC-00012413
Bearden, Carl | 0001 | MTC-00028723
Bearden, James | 0001 | MTC-00000901
Bearder, James | 0001 | MTC-00016216
Beardsley, Helen | 0001 | MTC-00030995
Beardsley, Kathy | 0001 | MTC-00011619
Beardsley, Russell | 0001 | MTC-00030994
Bearers, Keith | 0001 | MTC-00008507
Beasley, David | 0001 | MTC-00025574
Beasley, Jason | 0001 | MTC-00018549
Beasley, John | 0001 | MTC-00012240
Beasley, John | 0001 | MTC-00006806
Beason, Kevin | 0001 | MTC-00018690
Beatie, Chuck | 0001 | MTC-00011887
Beatie, huck | 0001 | MTC-00022884
Beaton, Stuart | 0001 | MTC-00016961
Beatson, David | 0001 | MTC-00010779
Beatson, John A. | 0001 | MTC-00028909
Beattie, Brian | 0001 | MTC-00001214
Beattie, Brian | 0001 | MTC-00025298
Beattie, Chris | 0001 | MTC-00016064
Beattie, Russell | 0001 | MTC-00016892
Beattie, Trevin | 0001 | MTC-00016969
Beatty, David | 0001 | MTC-00032836
Beatty, Michael | 0001 | MTC-00025674
Beatty, Michael | 0002 | MTC-00026527
Beatty, Richad | 0001 | MTC-00030596
Beatty, Sherry | 0001 | MTC-00030597
Beaudoin, Bob | 0001 | MTC-00008246
Beaudry, Carl | 0001 | MTC-00015782
Beaudry, Jack | 0001 | MTC-00014485
Beaulieu, Denis | 0001 | MTC-00032021
Beauregard, Tony | 0001 | MTC-00015509
Beausang, David | 0001 | MTC-00027980
Beaver, Catherine | 0001 | MTC-00025266
Beaver, Simon | 0005 | MTC-00026050
Beavers, Keith | 0001 | MTC-00013696
Beavers, Keith | 0001 | MTC-00027487
Bebirian, Walter Paul | 0002 | MTC-00011192
Becera, Sebastian | 0001 | MTC-00022991
Becerra, Edward | 0001 | MTC-00028777
Bechtel, Brad | 0001 | MTC-00017043
Bechtel, Jason | 0001 | MTC-00003135
Beck, Carl | 0001 | MTC-00029709
Beck, Dana | 0001 | MTC-00006289
Beck, Darren | 0003 | MTC-00003544
Beck, David | 0001 | MTC-00020651
Beck, David | 0001 | MTC-00029060
Beck, Gary P. | 0001 | MTC-00008768
Beck, Gary P. | 0001 | MTC-00010124
Beck, Gerhard | 0001 | MTC-00011247
Beck, John F. | 0001 | MTC-00006295
Beck, Jonathan | 0001 | MTC-00006755
Beck, Michael | 0001 | MTC-00002996
Beck, Patricia | 0001 | MTC-00033449
Beck, Ron | 0001 | MTC-00006326
Beck, Warren | 0002 | MTC-00020614
Becka, Zdenek | 0001 | MTC-00025996
Beckcom, James | 0001 | MTC-00002304
Becker III, Anthony J. | 0001 | MTC-00023476
Becker, Andrew | 0001 | MTC-00002346
Becker, Bob | 0001 | MTC-00028006
Becker, Charles | 0001 | MTC-00022362
Becker, Jesse | 0001 | MTC-00019864
Becker, John and Bonny | 0001 | MTC-00031674
Becker, Marvin | 0001 | MTC-00022959
Becker, Michael | 0001 | MTC-00007333
Becker, Milton | 0002 | MTC-00032532
Becker, Richard | 0001 | MTC-00010606
Becker, Richard J. | 0001 | MTC-00023761
Becker, Rick | 0001 | MTC-00008505
Becker, Rick | 0001 | MTC-00007631
Becker, Robert | 0002 | MTC-00016451
Beckert, Richard D. | 0001 | MTC-00008127
Beckman, Alexander | 0001 | MTC-00032642
Beckner, Harry | 0001 | MTC-00032930
Becksted, Bob | 0001 | MTC-00002994
Beckwith, Richard | 0002 | MTC-00002283
Becnel, James | 0001 | MTC-00003823
Beddingfield, Bob | 0002 | MTC-00029794
Beddoe, Clark | 0001 | MTC-00021030
Beddow, Gail | 0002 | MTC-00022597
Bednar, Gregory | 0001 | MTC-00031067
Bednara, Chris | 0002 | MTC-00018162
Bednarczyk, David | 0001 | MTC-00027179
Bednarik, Patricia | 0001 | MTC-00031771
Bednarz, Bob | 0001 | MTC-00002340
Bednowicz, Mike | 0001 | MTC-00017009
Bedolla, Richard | 0001 | MTC-00009115
Beebe, Jim | 0001 | MTC-00007787
Beecher, Graciela | 0001 | MTC-00011514
Beecroft, Mark | 0001 | MTC-00009999
Beekman, George | 0001 | MTC-00004583
Beel, Ted | 0001 | MTC-00026831
Beelby, Christopher Mark | 0002 | MTC-00019798
Beem, Randy | 0001 | MTC-00025947
Beenan, Dale | 0002 | MTC-00027735
Beene, Jeff | 0001 | MTC-00015771
Beene, Robert | 0001 | MTC-00005609
Beer, David | 0001 | MTC-00030965
Beers, Dave | 0002 | MTC-00024915
Beers, David | 0001 | MTC-00005785
Beers, Michael | 0001 | MTC-00007658
Beers, Richard A. | 0001 | MTC-00007909
Beeth, Don | 0001 | MTC-00022475
Beggy, chris | 0001 | MTC-00019443
Begley, Jim | 0001 | MTC-00016382
Begley, Robert | 0001 | MTC-00009840
Beglinger, Jack | 0003 | MTC-00025880
Begole, James | 0002 | MTC-00004161
Begole, James M. A. | 0002 | MTC-00026457
Begonja, Tony | 0001 | MTC-00002085
Begonja, Tony | 0001 | MTC-00013980
Behdjat, Mehran | 0002 | MTC-00008693
Behel, Lee | 0001 | MTC-00005407
Behel, Lee | 0001 | MTC-00011368
Behlert, Marion | 0001 | MTC-00000606
Behlert, Marion | 0001 | MTC-00008874
Behn, Kurtis | 0001 | MTC-00012709
Behr, Bradford | 0001 | MTC-00003859
Behrens, Dennis | 0001 | MTC-00032612
Behrens, Dennis | 0001 | MTC-00011028
Behrens, Kathleen | 0001 | MTC-00014482
Behrens, Siegfried | 0002 | MTC-00001062
Behrens, Steven | 0001 | MTC-00003283
Behrman, Barry | 0001 | MTC-00006015
Behtash, Behzad | 0001 | MTC-00011472
Beidelman, John | 0001 | MTC-00004476
Beidler, Geoff | 0001 | MTC-00000485
Beier, Ernest and Carlette | 0001 | MTC-00014715
Beik, Bela | 0001 | MTC-00013065
Beirke, Carolyn | 0001 | MTC-00009700
Beitman, Gregorio | 0001 | MTC-00009658
Beito, Matthew A. | 0001 | MTC-00020012
Beitscher, Seymour | 0002 | MTC-00009750
Beitzel, Jeff | 0002 | MTC-00028998
Bej, Mark | 0001 | MTC-00004980
Bejer, Thaddeus | 0001 | MTC-00015651
Bek, Beri | 0001 | MTC-00009417
Bekas, John | 0002 | MTC-00004607
Belanger, Mark | 0001 | MTC-00002454
Belcea, Maria | 0001 | MTC-00026999
Belcher, Michael | 0002 | MTC-00032200
Belcher, Michael | 0002 | MTC-00032419
Belfiore, Al | 0001 | MTC-00021621
Belflower, Peggy | 0001 | MTC-00029206
Beljaeff, Gene | 0001 | MTC-00001232
Belkin, Larry | 0001 | MTC-00001012
Bell, Chuck | 0001 | MTC-00006442
Bell, Clyde | 0001 | MTC-00026912
Bell, Gail | 0001 | MTC-00012547
Bell, Glen | 0001 | MTC-00029815
Bell, James Lee | 0001 | MTC-00018624
Bell, Jeff | 0001 | MTC-00002827
Bell, Jeffrey A. | 0001 | MTC-00002565
Bell, Jenny E. | 0001 | MTC-00013766
Bell, Jon | 0001 | MTC-00024833
Bell, Kathryn | 0001 | MTC-00023184
Bell, Kathryn | 0002 | MTC-00033240
Bell, Kenny | 0002 | MTC-00031302
Bell, Max | 0001 | MTC-00014902
Bell, R.P. | 0002 | MTC-00013805
Bell, Rebecca | 0001 | MTC-00026946
Bell, Robert | 0001 | MTC-00013169
Bell, Scott | 0002 | MTC-00023145
Bell, Sean | 0001 | MTC-00012818
Bell, Terry | 0002 | MTC-00031727
Bell, Timothy A. | 0001 | MTC-00005187
Bell, Tom | 0001 | MTC-00013327
Bell, Wayne | 0001 | MTC-00000508
Bellamy, Joanne | 0001 | MTC-00031779
Bellamy, Marvin | 0001 | MTC-00017809
Bellamy, William | 0001 | MTC-00029625
Belland, Jack | 0001 | MTC-00004835
Bellcurren, Craig | 0001 | MTC-00020793
Beller, Bob | 0001 | MTC-00000679
Belles, Zerbin | 0001 | MTC-00029168
Belli, Nick | 0002 | MTC-00022614
Bellin, Thomas | 0001 | MTC-00015837
Bellina, Charles | 0001 | MTC-00014394
Bellinder, Sioux | 0001 | MTC-00016252
Bellinger, Nick | 0003 | MTC-00014822
Bellmore, Manny | 0001 | MTC-00006555
Bello, Ernie | 0001 | MTC-00011089
Bellotti, Joe and Vickie | 0001 | MTC-00026174
Bellows, Keith | 0002 | MTC-00002903
Bellve, Karl | 0001 | MTC-00016664
Belnap, Mark | 0001 | MTC-00017159
belob@juno.com | 0001 | MTC-00008321
Belomestnov, Anatolli | 0001 | MTC-00000380
Belser, Dave | 0001 | MTC-00027336
Belshaw, Jarod | 0001 | MTC-00024848
Beltrame, Marc | 0002 | MTC-00013573
Beltran III, Rafael | 0001 | MTC-00005316
Beltran, Delfin J. | 0001 | MTC-00014736
Belvin, William S. | 0001 | MTC-00011009
Belz, Andrea | 0001 | MTC-00010880
Beman, Ron | 0001 | MTC-00030521
bemlmorrow@erols.com | 0001 | MTC-00010345
bemlmorrow@erols.com | 0001 | MTC-00024264
Ben | 0001 | MTC-00004277
Ben | 0001 | MTC-00019256
Ben | 0002 | MTC-00032356
Ben-Kiki, Oren | 0003 | MTC-00001039
Benander, David | 0001 | MTC-00009786
Benas, Allen | 0001 | MTC-00005536
Benda, Mike | 0001 | MTC-00001633
Bender, Adam | 0001 | MTC-00018426
Bender, Brian | 0001 | MTC-00028574
Bender, EIleen T. | 0001 | MTC-00024943
Bender, Nick | 0001 | MTC-00017306
Bender, Ryan | 0001 | MTC-00029262
Bender, Vaughn | 0001 | MTC-00019428
Bendersky, Victor | 0001 | MTC-00030923
Bendokaitis, John | 0001 | MTC-00025081
Benecke, Jess | 0004 | MTC-00003830
Benedict, Eric | 0002 | MTC-00009596
Benedict, Eric L. | 0002 | MTC-00000347
Benedict, Kent | 0001 | MTC-00015275
Benetta129@aol.com | 0001 | MTC-00006896
Benfell, David | 0001 | MTC-00020174
Bengochea, Rosa | 0002 | MTC-00022985
bengroes@mindspring.com | 0001 | MTC-00000587
Bengtson, Chris | 0002 | MTC-00018568
Benington, Robert | 0002 | MTC-00000201
Benison, Orna | 0001 | MTC-00032924
Benjamin, Carlos | 0002 | MTC-00015773
Benjamin, Jeff | 0002 | MTC-00016717
Benjamin, Todd | 0002 | MTC-00031092
Benjamin, William M. | 0001 | MTC-00013066
Bennatts, Patricia | 0001 | MTC-00004385
Bennatts, Patricia | 0001 | MTC-00025456
Benner, Jack | 0001 | MTC-00027020
Benner, Paul | 0002 | MTC-00009600
Benner, Paula | 0002 | MTC-00032427
Bennet, Faye | 0001 | MTC-00029189
Benneth, Randy | 0001 | MTC-00031223
Bennett, Chris | 0001 | MTC-00023974
Bennett, David | 0001 | MTC-00002040
Bennett, Ian | 0001 | MTC-00018140
Bennett, James | 0001 | MTC-00029115
Bennett, James R. | 0001 | MTC-00013668
Bennett, Jason | 0001 | MTC-00009226
Bennett, Retha | 0001 | MTC-00008028
Bennett, Retha | 0001 | MTC-00022391
Bennett, Rick | 0001 | MTC-00013311
Bennett, Robert | 0001 | MTC-00024936
Bennett, Rubia | 0002 | MTC-00002884
Bennett, Sam | 0018 | MTC-00000298
Bennett, Steve | 0002 | MTC-00021927
Bennett, William B. | 0001 | MTC-00008884
Bennett, William M. | 0001 | MTC-00001770
Benningfield, John | 0001 | MTC-00032704
Benninghoff, Steve | 0001 | MTC-00023911
Bennington, Charles | 0002 | MTC-00033821
Bennington, Timothy L. | 0001 | MTC-00024927
Bennion, Chad | 0001 | MTC-00010101
Bennion, David | 0001 | MTC-00002778
Bennun, Paul | 0001 | MTC-00016371
Beno, Robert | 0001 | MTC-00014604
Benoit, Bill | 0001 | MTC-00002660
Benoit, Daniel | 0001 | MTC-00031237
Benoit, Kristian | 0001 | MTC-00004016
Benoit, Stephen | 0004 | MTC-00002729
benright@alvertive.com | 0001 | MTC-00011921
benrwhick@juno.com | 0001 | MTC-00010378
Benschop, Joris | 0001 | MTC-00014943
Bensen, Fred | 0001 | MTC-00008049
Benshoof, Terry | 0001 | MTC-00004092
Benshoof, Terry | 0001 | MTC-00006993
Bensley, Lillian | 0001 | MTC-00028617
Benson, Bartley | 0001 | MTC-00012519
Benson, C. Sam | 0002 | MTC-00014772
Benson, Fred | 0001 | MTC-00007108
Benson, Gary | 0001 | MTC-00019688
Benson, Harry | 0001 | MTC-00022409
Benson, Jim | 0001 | MTC-00006965
Benson, Markland | 0002 | MTC-00016456
Benson, Paul | 0004 | MTC-00010000
Benson, Peter | 0001 | MTC-00031189
Benson, Peter | 0001 | MTC-00026218
Benson, Sam | 0001 | MTC-00000876
Benson, Todd | 0001 | MTC-00002990
Bentley, Steve | 0001 | MTC-00028352
Benton, Carol | 0001 | MTC-00011853
Benton, Jon | 0001 | MTC-00003994
Bentrager, Sharon | 0001 | MTC-00026570
ben—dixon@email.msn.com | 0001 | MTC-00028102
Berberich, Don | 0003 | MTC-00019981
Berblinger, Marc | 0001 | MTC-00009301
Berch, Ezra | 0001 | MTC-00027672
Berecki, John E. | 0001 | MTC-00008099
Berejka, Tony | 0001 | MTC-00006919
Berens, S. | 0001 | MTC-00020369
Berens, Stephen | 0004 | MTC-00019833
Berenson, Harold | 0001 | MTC-00010596
Berenson, Harold | 0002 | MTC-00032150
Berford, Max | 0001 | MTC-00008399
Berg, Howard | 0001 | MTC-00016060
Berg, Jeffery | 0001 | MTC-00010029
Berg, Jeffrey | 0001 | MTC-00007263
Berg, Joan Hawkins | 0001 | MTC-00007230
Berg, John | 0001 | MTC-00013103
Berg, John L. | 0001 | MTC-00002169
Berg, Rick | 0002 | MTC-00020714
Berg, Robert | 0001 | MTC-00026014
Berg, Rosalind | 0001 | MTC-00012347
Bergen, Mardi | 0001 | MTC-00012567
Bergens, Jennifer | 0001 | MTC-00026074
Bergenske, Doug | 0001 | MTC-00006239
Berger | 0001 | MTC-00009268
Berger Jr., Phil | 0001 | MTC-00033694
Berger, Chris | 0001 | MTC-00010773
Berger, Dan | 0001 | MTC-00016684
Berger, Daniel | 0001 | MTC-00009311
Berger, Eric | 0001 | MTC-00002121
Berger, John | 0001 | MTC-00010396
Berger, John | 0001 | MTC-00017372
Berger, Lee | 0001 | MTC-00029089
Berger, Mark | 0002 | MTC-00023517
Berger, R.F. | 0001 | MTC-00000444
Berger, Richard Z. | 0001 | MTC-00009984
Berger, Robert | 0001 | MTC-00030665
Berger, Robert J. | 0002 | MTC-00019285
Berger, Thomas | 0002 | MTC-00002030
Bergeran, Jerry | 0001 | MTC-00008509
Bergeron, Chris | 0001 | MTC-00019897
Bergeron, Christopher | 0001 | MTC-00001095
Bergeron, Joe | 0001 | MTC-00001525
Berggren, Bonnie | 0001 | MTC-00029622
Bergh, Craig | 0001 | MTC-00001600
Bergh, Juanita | 0003 | MTC-00028294
Berghefer, Sherry | 0002 | MTC-00005116
Berghorn, CW | 0001 | MTC-00033165
Bergknoff, Michael | 0001 | MTC-00030688
Berglund, Richard L. | 0002 | MTC-00031197
Bergman, David | 0001 | MTC-00003530
Bergman, James | 0002 | MTC-00029426
Bergman, Neil | 0001 | MTC-00006788
Bergman, Robert J. | 0001 | MTC-00031571
Bergmeister, Frank | 0001 | MTC-00004918
Bergsman, Phyllis | 0001 | MTC-00006964
Bergstrom, Jason | 0001 | MTC-00026451
Bergstrom, Scott | 0002 | MTC-00024714
Berhoff, Barry | 0001 | MTC-00026656
Berich, Ron | 0001 | MTC-00005774
Berish, Lew | 0001 | MTC-00026216
Beriswill, Paul | 0001 | MTC-00018737
Berk, Elizabeth | 0001 | MTC-00031668
Berke, Gerald | 0001 | MTC-00002656
Berkenbile, Dave J. | 0001 | MTC-00014600
Berkheisher, Melody | 0001 | MTC-00010228
Berkholtz, Gregg | 0002 | MTC-00020095
Berkland, David | 0001 | MTC-00011396
Berkus, Josh | 0003 | MTC-00004002
Berlemeier, George A & Millie C. | 0001 | MTC-00010657
Berlin | 0001 | MTC-00000721
Berlinger, Daniel | 0002 | MTC-00016761
berlinmc@juno.com | 0001 | MTC-00010367
Berlo, Clay | 0001 | MTC-00020132
Berman, Iris | 0001 | MTC-00006279
Berman, Stephen | 0001 | MTC-00026501
Bermerder, Daniel | 0001 | MTC-00010815
Bernal, Richard | 0001 | MTC-00011105
Bernard, Bob | 0001 | MTC-00007447
Bernard, H. | 0001 | MTC-00012132
Bernard, Jon | 0001 | MTC-00019978
Bernard, Jonathan | 0001 | MTC-00017702
Bernard, MIchel | 0001 | MTC-00030576
Bernard702@aol.com | 0001 | MTC-00019397
Bernardoni, Victor | 0002 | MTC-00013278
Bernauer, Donovan | 0001 | MTC-00004543
Bernecloth, Paul | 0001 | MTC-00000558
Bernegger, M. | 0001 | MTC-00011480
Bernhardt, Jonathan | 0001 | MTC-00003066
Bernhardt, Thomas | 0001 | MTC-00013317
Bernie | 0001 | MTC-00002131
Bernott, Bruce | 0001 | MTC-00029079
Bernstein, Andrew | 0001 | MTC-00014424
Bernstein, David | 0001 | MTC-00007306
Bernstein, Joe | 0001 | MTC-00013468
Bernstein, Joshua | 0001 | MTC-00018416
Bernstein, Leonard | 0001 | MTC-00028338
Bernstein, Philip | 0001 | MTC-00000747
Bero, William | 0001 | MTC-00031987
Berrett, Melanie | 0001 | MTC-00032815
Berrier, Gary | 0001 | MTC-00022290
Berry Sr. Donald P. | 0001 | MTC-00029577
Berry, Daniel | 0001 | MTC-00024144
Berry, David | 0002 | MTC-00008196
Berry, Jean | 0001 | MTC-00020537
Berry, Joshua | 0001 | MTC-00017559
Berry, Louis | 0001 | MTC-00021464
Berry, Nate | 0001 | MTC-00003079
Berry, Patrick T. | 0001 | MTC-00020510
Berry, Ray | 0001 | MTC-00017735
Berry, Tom | 0003 | MTC-00011551
Berry, Will | 0002 | MTC-00018310
Berryman, Steve | 0001 | MTC-00010116
Bersin, Josh | 0004 | MTC-00002748
Bersin, Neil | 0001 | MTC-00006075
Berstis, Viktor | 0002 | MTC-00000269
Berstler, Walt | 0001 | MTC-00015756
Bertelson, Chris | 0002 | MTC-00010750
Berthold, Anina | 0001 | MTC-00012507
Berthomier, Lionel | 0001 | MTC-00004811
Berthoud, John | 0003 | MTC-00031222
Berthoud, John | 0001 | MTC-00010984
Bertles, William | 0001 | MTC-00032779
Bertloa, Andrew C. | 0001 | MTC-00017706
Bertogli, Mary | 0002 | MTC-00026080
Bertrand, Alaih | 0001 | MTC-00023983
Bertsch, Brian | 0001 | MTC-00019474
Bertsche, Katherine | 0001 | MTC-00025461
Bertsche, R. J. | 0001 | MTC-00015752
Berve, Tom | 0001 | MTC-00002333
Berzing, Victor | 0001 | MTC-00017355
Besalel, Samuel | 0002 | MTC-00020987
Besedick, Stephen | 0001 | MTC-00001207
Besedick, Stephen | 0001 | MTC-00004942
Besedick, Stephen | 0001 | MTC-00002066
Best Source of Internet Traffic | 0003 | MTC-00019365
Best, Brian J. | 0001 | MTC-00032137
Best, Chris | 0001 | MTC-00003258
Best, Dale | 0001 | MTC-00011844
Best, Dendra | 0001 | MTC-00014121
Best, L. D. | 0002 | MTC-00032353
Best, Raymond | 0001 | MTC-00012324
Best, Raymond | 0001 | MTC-00029100
Besteda, R. O. | 0001 | MTC-00007094
Bestwick, Warren | 0002 | MTC-00033201
Betcha, Hugh | 0001 | MTC-00013747
Betcher, Nick | 0001 | MTC-00017873
Betgood, Jeff | 0001 | MTC-00016845
Bethel, George S. | 0002 | MTC-00026526
Bethel, William | 0001 | MTC-00021432
Bethel, William | 0001 | MTC-00009386
Bethge, John D. | 0001 | MTC-00000404
Bettendorf | 0001 | MTC-00001085
Bettin, Linda | 0001 | MTC-00022738
Bettin, Linda M. | 0001 | MTC-00012394
Bettiol, John | 0001 | MTC-00015028
Bettner, Elson | 0001 | MTC-00007113
Betts, Daniel | 0001 | MTC-00033322
Bettybobs@aol.com | 0001 | MTC-00007825
Bettyhu | 0001 | MTC-00008870
Beumeler, mark | 0001 | MTC-00015861
Beumeler, Mark | 0001 | MTC-00026310
Beumeler, Teresa L. | 0001 | MTC-00019325
Beuo, Angelo J. | 0001 | MTC-00030393
Bev | 0001 | MTC-00006228
Bevan, Jody | 0001 | MTC-00002053
Bevard, Denise | 0001 | MTC-00021024
Bevelacqua, Jeffrey | 0002 | MTC-00009586
Bevens, Leonard | 0001 | MTC-00021823
Beveridge, Brian | 0001 | MTC-00019033
Beveridge, John | 0001 | MTC-00019651
Beverly, Jeff | 0001 | MTC-00027174
Bevernage, N. | 0001 | MTC-00014619
Bevill, Rob | 0001 | MTC-00024350
Bevis, Bill | 0001 | MTC-00016939
Bevis, george | 0001 | MTC-00024136
bevnels@juno.com | 0001 | MTC-00007741
bevtal@aol.com | 0001 | MTC-00017226
Bewee, Don | 0002 | MTC-00000815
Beychok, Michael | 0002 | MTC-00031885
Beyer, Bill | 0001 | MTC-00025155
Beyer, Bill | 0001 | MTC-00005564
Beyer, John C. | 0001 | MTC-00012872
Beyer, Joseph | 0001 | MTC-00029390
Beyer, Ken | 0002 | MTC-00015144
Beyer, Ron | 0001 | MTC-00016841
Beymer, Easton | 0001 | MTC-00016995
Beyne, Elizabeth | 0002 | MTC-00033446
Bezanson, Nathaniel | 0001 | MTC-00015866
Bezark, Adam | 0002 | MTC-00026569
Bezella, Andy | 0001 | MTC-00025834
Bezold, David | 0001 | MTC-00018472
Bezona, Bob | 0001 | MTC-00029345
BFSTK@aol.com | 0001 | MTC-00010223
BGABRAB@aol.com | 0001 | MTC-00009421
bgbep 6 mann@aep. com@inetgw | 0004 | MTC-00005389
bgreer 22@yahoo .com | 0001 | MTC-00028075
Bhanania, Rakesh | 0001 | MTC-00022357
Bhanote, Sandeep | 0001 | MTC-00031863
Bharati, Sudeep | 0001 | MTC-00007298
Bhatti, Ishtiyaq | 0001 | MTC-00010544
Bhatti, Raj | 0001 | MTC-00010941
Bhatti, Saeed | 0001 | MTC-00028927
Bhatti, Yashua | 0001 | MTC-00027930
Bhavnanie, Jeff | 0001 | MTC-00022918
Biafore, Kevin | 0001 | MTC-00001470
Biagioli, Todd | 0001 | MTC-00013735
Bialac, David | 0001 | MTC-00021470
Bialek, Fred | 0002 | MTC-00033126
Bibbee, Jeff | 0001 | MTC-00030881
Biberdof, Daryl | 0002 | MTC-00027369
Biberdorf, Dea L. | 0001 | MTC-00027381
Bicho, Alan | 0001 | MTC-00029467
Bickart, Robert | 0001 | MTC-00023797
Bickford, Mark H. | 0001 | MTC-00025627
Bicking, Glen | 0001 | MTC-00020723
Bicking, Ian | 0001 | MTC-00000999
Bickle, Don cookay | 0001 | MTC-00029497
Bickley, Elinor | 0001 | MTC-00026354
Bickmeyer, Mark | 0001 | MTC-00019848
Bicknell, Scott | 0001 | MTC-00002913
Bicknell, Scott | 0001 | MTC-00009790
Bicknell, William | 0001 | MTC-00024767
Biddle, Drucilla | 0001 | MTC-00013523
Biddle, Harry | 0001 | MTC-00030617
Biddle, Herb | 0001 | MTC-00005437
Bidewell, Brandon | 0002 | MTC-00018810
Bidwa, Dan | 0001 | MTC-00022360
Bieber, Connie | 0001 | MTC-00020380
Bieber, Harold | 0001 | MTC-00024112
Biederman, Leonard | 0002 | MTC-00033488
Biederstedt | 0001 | MTC-00017382
Biehl, Tony | 0001 | MTC-00014655
Bielby, Danny O. | 0001 | MTC-00028666
Bieloslei, Michael | 0001 | MTC-00031930
Bien, John | 0001 | MTC-00007176
Bier, L49@aol.com | 0001 | MTC-00000277
Bierman, Keith | 0001 | MTC-00018529
Biermann, Kevin | 0001 | MTC-00033715
Biese, Bill | 0001 | MTC-00017824
Biever, Ed | 0001 | MTC-00025665
bigbob@lookingglass.net | 0001 | MTC-00014337
Bigelow, Scott | 0001 | MTC-00003005
Bigelow, Willard | 0001 | MTC-00014705
bigelse436 | 0001 | MTC-00025190
biggrandma | 0001 | MTC-00025180
Biggs | 0001 | MTC-00027641
Biggs, Charles R. | 0002 | MTC-00014130
Biggs, Robert | 0001 | MTC-00001872
Biggy Boy Toddy | 0001 | MTC-00009477
Bigler, Jan | 0001 | MTC-00023054
bigmagic@modempool.com | 0001 | MTC-00010874
bigred743@starbnd.net | 0001 | MTC-00014328
Bigtalk2@aol.com | 0001 | MTC-00008909
Bihler, Kua | 0001 | MTC-00014868
Bijnens, John | 0001 | MTC-00024155
bikesarelife@yahoo.com | 0001 | MTC-00016031
Bilan, Ann | 0001 | MTC-00007210
Biliunas, N. | 0001 | MTC-00015783
Bilking, Ian | 0002 | MTC-00003604
Bill | 0001 | MTC-00026314
Bill and , Fred and Joan | 0001 | MTC-00030585
Bill, J. | 0001 | MTC-00022898
billeast@cfl.rr.com | 0001 | MTC-00014568
Billingham, Mindy | 0002 | MTC-00017378
Billingsley, Brendon | 0001 | MTC-00024398
Billington, Ian | 0001 | MTC-00018904
billsanchez@juno.com | 0001 | MTC-00028214
Billups, Michael | 0001 | MTC-00016868
Billy E. Faggart, Jr. | 0003 | MTC-00019715
bilnetz@webtv.net | 0001 | MTC-00028219
Bilsland, Vetra | 0001 | MTC-00029600
Binder, Bruce M. | 0002 | MTC-00001998
Bing, Boggye | 0001 | MTC-00024372
Bingaman, Keith | 0002 | MTC-00012110
Bingham, Bruce | 0001 | MTC-00020711
Bingham, Devon | 0001 | MTC-00005385
Bingham, Matt | 0001 | MTC-00024713
Binkard, Daniel | 0001 | MTC-00018736
Binkley, Bill | 0002 | MTC-00000106
Binney, Peter | 0001 | MTC-00005717
Binnion, David W. | 0002 | MTC-00019638
Binns, David | 0001 | MTC-00014420
Binswanger, Harry | 0001 | MTC-00025093
Bintliff, Donald L. | 0001 | MTC-00026657
Bintz, John | 0002 | MTC-00010570
Biolabteco@aol.com | 0001 | MTC-00023857
BIOLABTECO@aol.com | 0001 | MTC-00033366
Biondolillo, John | 0001 | MTC-00030235
Birch, Bruce | 0001 | MTC-00016985
Birch, Phillip | 0001 | MTC-00003249
Birch, William | 0001 | MTC-00021167
Bircsak, John | 0001 | MTC-00018514
Bird, Douglas | 0001 | MTC-00030155
Bird, Douglas | 0001 | MTC-00029572
Bird, Fred and Edna Lee | 0001 | MTC-00025543
Bird, Geoff | 0006 | MTC-00030646
Bird, Geoff | 0006 | MTC-00030210
Bird, William | 0001 | MTC-00004952
birdiebajc@juno.com | 0001 | MTC-00028066
Birdsall, Anthony W. | 0001 | MTC-00031684
Birdsall, Elsie M. | 0001 | MTC-00011976
Birdsall, Richard | 0001 | MTC-00006058
Birdsall, Richard E. | 0001 | MTC-00003963
Birdsall, Walt | 0002 | MTC-00029378
Bires, Tom | 0001 | MTC-00012034
Birling, Doug | 0001 | MTC-00001899
Birmingham, Eddie | 0002 | MTC-00027171
Birren-Wilsey, Patricia | 0001 | MTC-00009334
Birtz, Alain | 0001 | MTC-00013394
Bisaha, Mark | 0001 | MTC-00016865
BisBee, Donald | 0001 | MTC-00003522
Bishop Jr, Vincil C. | 0001 | MTC-00006665
Bishop, Bill | 0001 | MTC-00016608
Bishop, CHristina | 0002 | MTC-00011515
Bishop, David | 0001 | MTC-00018423
Bishop, David | 0001 | MTC-00001783
Bishop, Jack | 0001 | MTC-00021142
Bishop, Jason | 0002 | MTC-00028960
Bishop, Jim | 0001 | MTC-00027502
Bishop, John | 0001 | MTC-00003484
Bishop, LJ | 0001 | MTC-00010023
Bishop, Michael | 0001 | MTC-00003512
Bishop, Michael | 0001 | MTC-00017599
Bishop, Robert | 0001 | MTC-00023380
Bishop, Role | 0001 | MTC-00031058
Bishop, Sheryl | 0001 | MTC-00010153
Bishop, Stephen | 0002 | MTC-00016871
Bishop, Vencil C. | 0001 | MTC-00030006
Bishop, William | 0001 | MTC-00016705
Bishop-Brown, Pat | 0001 | MTC-00002892
Bisneau, Kevin | 0001 | MTC-00003154
Bisogno, Rocky | 0001 | MTC-00032975
Bissell, Tim | 0001 | MTC-00024001
Bithoney, Tim | 0001 | MTC-00003841
Bittel, Francis | 0002 | MTC-00032514
Bittenbender, John | 0001 | MTC-00017518
Bittinger, Kyle | 0001 | MTC-00019146
Bittinger, Trevor | 0001 | MTC-00020299
Bittlestone, Clive | 0001 | MTC-00017990
Bivens, Alfred | 0002 | MTC-00033225
Bivens, Don | 0001 | MTC-00000147
Bivens, Don | 0001 | MTC-00005023
Bivens, Phillip | 0001 | MTC-00026302
Bixby, Connie | 0002 | MTC-00029896
Bixler, John | 0001 | MTC-00010020
Bixler, Roy | 0002 | MTC-00023605
Biz, Tony | 0002 | MTC-00028032
Bizer, Marc | 0001 | MTC-00028891
bjacoby@aol.com | 0001 | MTC-00014535
Bjerke, Daryl | 0001 | MTC-00003177
bjidzik@usdoj.gov | 0001 | MTC-00029129
Bjorklund, Richard | 0001 | MTC-00005803
bkeller@calibresys.com | 0001 | MTC-00024765
Bkert0711@aol.com | 0001 | MTC-00017269
bking@wt6.usdoj.gov | 0001 | MTC-00028477
Bkiroglu, Kaya B. | 0001 | MTC-00000231
bkunz@lcsd2.org | 0001 | MTC-00021954
Black, Barbara L. | 0001 | MTC-00026133
Black, Delbert | 0001 | MTC-00007501
Black, Don | 0001 | MTC-00020120
Black, Douglas | 0001 | MTC-00020979
Black, Gabriel | 0001 | MTC-00015903
Black, Gary | 0001 | MTC-00031026
Black, Hal | 0009 | MTC-00016287
Black, James | 0001 | MTC-00030975
Black, Jeremy | 0001 | MTC-00017964
Black, Marie | 0001 | MTC-00021605
Black, Mary | 0002 | MTC-00032074
Black, Matthew | 0003 | MTC-00014177
Black, Michael | 0001 | MTC-00004146
Black, Nathan | 0001 | MTC-00000516
Black, Peter | 0001 | MTC-00011224
Black, Randy | 0001 | MTC-00009176
Black, Richard H. | 0001 | MTC-00031849
Black, Romancer | 0002 | MTC-00000415
Black, Ronald | 0001 | MTC-00005588
Black, Spencer | 0002 | MTC-00028753
Black, Steve | 0005 | MTC-00027506
Black, Steven | 0003 | MTC-00007809
Black, Steven | 0002 | MTC-00004577
Black-Schaffer, David | 0001 | MTC-00001450
Blackburn, Ann | 0001 | MTC-00026449
Blackburn, Bob and Pat | 0001 | MTC-00025974
Blackburn, Isabel | 0003 | MTC-00024413
Blackburn, John | 0001 | MTC-00024069
Blackburn, Norm | 0001 | MTC-00021809
Blackburn, Quin | 0003 | MTC-00026100
Blacke, Robert Jr. | 0001 | MTC-00008045
Blackford, Rick | 0001 | MTC-00006032
Blackley, Todd | 0001 | MTC-00018799
Blacklock, Izzy | 0001 | MTC-00025116
Blackman, Carl | 0001 | MTC-00001752
Blackman, Daniel | 0002 | MTC-00003171
Blackman, Jay | 0001 | MTC-00025784
Blackman, Mark | 0001 | MTC-00007461
blackshack1@juno.com | 0001 | MTC-00010862
Blackwell, James | 0001 | MTC-00014889
Blackwell, Jason | 0001 | MTC-00022889
Blackwill, Jerry | 0001 | MTC-00008235
Blades, Don | 0001 | MTC-00006342
Blaede, Timothy N. | 0001 | MTC-00031068
Blaes, Mark | 0002 | MTC-00019647
Blaeuer, Cindy | 0001 | MTC-00030301
Blair, Benjamin | 0002 | MTC-00016271
Blair, Dale | 0001 | MTC-00031372
Blair, David | 0001 | MTC-00004301
Blair, Eric | 0001 | MTC-00013179
Blair, Paul | 0001 | MTC-00019237
Blair, Robert | 0001 | MTC-00003395
Blair, Steve | 0001 | MTC-00019890
Blair, Tim | 0001 | MTC-00019878
Blais, Bernard | 0001 | MTC-00010143
Blais, Criag L. | 0001 | MTC-00031845
Blaisdell, Robert P. | 0002 | MTC-00007888
Blake, Bob | 0002 | MTC-00027978
Blake, Christopher | 0001 | MTC-00016515
Blake, Ken | 0001 | MTC-00026300
Blake, Phil | 0001 | MTC-00002932
Blake, Roger | 0001 | MTC-00020992
Blake, Williford | 0001 | MTC-00015846
Blakely, Michael | 0001 | MTC-00027054
Blakenship, Joyce | 0001 | MTC-00027199
Blakley, John C. | 0001 | MTC-00001845
Blanchard, David O. | 0001 | MTC-00000992
Blanchard, Hollis | 0001 | MTC-00003405
Blanchard, Hollis | 0001 | MTC-00018512
Blanchard, Trina | 0001 | MTC-00020499
Bland, Gene | 0001 | MTC-00019834
Blanford, Tom | 0001 | MTC-00030169
Blank, Jessica | 0001 | MTC-00003688
Blankenburg, Karl van | 0001 | MTC-00007781
Blankenburg, Karl Van | 0001 | MTC-00012082
Blankenship, Bill | 0001 | MTC-00013100
Blankership, Bernice | 0001 | MTC-00031061
Blanks, David | 0001 | MTC-00007530
Blann, Melvin R. III | 0002 | MTC-00033599
Blano@10.com | 0001 | MTC-00020631
Blanpied, Orrilla | 0001 | MTC-00008571
Blant, Chris | 0001 | MTC-00022589
Blanton, Gosman | 0001 | MTC-00009372
Blanton, John | 0001 | MTC-00032829
Blanton, Lea | 0001 | MTC-00027654
Blanton, Phillip | 0002 | MTC-00022958
Blaser, Britt | 0001 | MTC-00033624
Blaseu, Darren | 0001 | MTC-00024576
Blash, Ed | 0002 | MTC-00020835
Blasingame, Don | 0001 | MTC-00009988
Blatchley, brett | 0001 | MTC-00021689
Blatz, Jeremiah | 0001 | MTC-00013119
Blau, Robert | 0001 | MTC-00023094
Blauvelt, Whit | 0001 | MTC-00016701
Blaylock, Aloma | 0002 | MTC-00033117
blayman3@juno.com | 0001 | MTC-00010439
BlC24@email.byu.edu | 0001 | MTC-00020259
Bleakley, Bob | 0001 | MTC-00023777
Bleakley, Mr. | 0001 | MTC-00005234
Bleakley, Mr. | 0001 | MTC-00020830
Bleakley, R. | 0001 | MTC-00012608
Bleakley, Robert L. | 0001 | MTC-00006609
Bleecker, Francis | 0001 | MTC-00017142
Bleichert, John | 0002 | MTC-00024303
Bleier, Brad | 0002 | MTC-00018184
Bleimeister, W. C. | 0001 | MTC-00008975
Blessing, Chris | 0001 | MTC-00015742
Bletzinger, Peter | 0001 | MTC-00001362
blev@spiderloom.com | 0001 | MTC-00011428
Blevins, Barbara | 0001 | MTC-00013236
Blevins, Brian | 0001 | MTC-00005364
Blevins, Deward | 0001 | MTC-00022429
Blevins, Susan | 0001 | MTC-00012169
Blichfeldt, Scott | 0001 | MTC-00016679
Blinder, Dave | 0001 | MTC-00003236
Blirt, William | 0001 | MTC-00031600
Bliss, Alison | 0001 | MTC-00021737
Bliss, Brian | 0001 | MTC-00023724
Bliss, Daniel | 0001 | MTC-00001547
Bliss, Neil | 0001 | MTC-00016570
Blissitt, Gail | 0001 | MTC-00026646
blkarns | 0001 | MTC-00021360
Bloch, Dave | 0001 | MTC-00021499
Bloch, Len | 0001 | MTC-00004387
Block, Bill | 0001 | MTC-00007556
Block, Joe | 0001 | MTC-00021168
Block, William | 0001 | MTC-00021038
Blockland, Gary | 0001 | MTC-00013513
Blomberg, David | 0001 | MTC-00001102
Blomberg, David | 0001 | MTC-00003097
Blomberg, David | 0001 | MTC-00011194
Blomigous, Neal | 0001 | MTC-00003127
Blomquiest, Scott | 0001 | MTC-00026386
blomsoy@harborside.com | 0001 | MTC-00024811
Blondeau, Leroy | 0001 | MTC-00020782
Blondin, John | 0001 | MTC-00007997
Blondo, Ted | 0002 | MTC-00010304
BLong91986@aol.com | 0001 | MTC-00002962
Bloom, Gregg | 0001 | MTC-00019384
Bloom, Larry | 0001 | MTC-00028537
Bloom, Rex | 0001 | MTC-00007436
Bloomfield, C. W. and F. E. | 0001 | MTC-00012760
Bloomfield, C.W. and F.E. | 0001 | MTC-00001888
Bloomquist, Helen | 0001 | MTC-00007716
Blott, Rich | 0001 | MTC-00007116
Blough, Joseph | 0001 | MTC-00004470
Blount, Chris T. | 0001 | MTC-00007808
Blount, Michelle D. | 0001 | MTC-00031387
Blowers, Michelle | 0001 | MTC-00019527
Bloyer, W. Robert | 0002 | MTC-00033211
BLS | 0001 | MTC-00003431
Blue, David | 0001 | MTC-00030384
Blulock, Jack | 0001 | MTC-00025412
Blum, Bob | 0001 | MTC-00006792
Blum, Geb | 0001 | MTC-00005258
Blum, Lionel | 0001 | MTC-00020607
Blum, Raymond | 0001 | MTC-00000264
Blumberg, Seth L. | 0001 | MTC-00018286
Blumberg, Shelley | 0002 | MTC-00007323
Blumberg, Shelley | 0001 | MTC-00011986
Blume, dan | 0001 | MTC-00009327
Blumenthal, Joseph | 0001 | MTC-00000181
Blumenthal, Mike | 0001 | MTC-00001747
Blumling, May Lou | 0001 | MTC-00022610
Blummentual, Art | 0001 | MTC-00031100
Blunk, Larry | 0002 | MTC-00028748
Blunt, Gary | 0001 | MTC-00010094
blw50@juno.com | 0001 | MTC-00010884
Bly, Richard | 0001 | MTC-00003164
Blyder, Amelia | 0001 | MTC-00007450
Blyth, garrett Arch | 0001 | MTC-00019476
BMail123@aol.com | 0001 | MTC-00007456
BMccole9@aol.com | 0001 | MTC-00014226
bmielke | 0001 | MTC-00000742
bmiramontes | 0001 | MTC-00021378
bnicholl@sprynet.com | 0001 | MTC-00013841
Bnnion, Heber | 0001 | MTC-00028265
Boatright, J.C. | 0001 | MTC-00029976
Boatright, JC | 0002 | MTC-00027940
Boatwright, John M, III | 0001 | MTC-00013632
Bob | 0003 | MTC-00027486
Bob E. | 0001 | MTC-00025648
bob-c3@juno.com | 0001 | MTC-00011126
Bob.Typo.ITU@juno.com | 0001 | MTC-00010493
bob@arnoldsmith | 0001 | MTC-00024810
bob@arnoldsmithins.com | 0001 | MTC-00010350
bobak@gwu.edu | 0001 | MTC-00021961
bobal125@hotmail.com | 0001 | MTC-00028138
Bobbo, Barg | 0001 | MTC-00005576
Bobbs, Bradley | 0001 | MTC-00006355
Bobbs, Bradley | 0001 | MTC-00010341
Bobbs, Bradley | 0001 | MTC-00011511
bobby-fine@entersolve. com | 0001 | MTC-00025071
bobfinnie1@juno.com | 0001 | MTC-00011133
bobguth@fidnet.com | 0001 | MTC-00028708
bobguth@fidnet.com | 0001 | MTC-00028716
bobhansen@mindspring.com | 0001 | MTC-00014516
BobJ8806@aol.com | 0001 | MTC-00008283
bobj@msn.com | 0001 | MTC-00001421
bobjn8rl@juno.com | 0001 | MTC-00010465
bobjomurrell@juno.com | 0001 | MTC-00027952
Bobjytte@aol.com | 0001 | MTC-00005537
bobleibo@bellatlantic.net | 0001 | MTC-00028107
boblemon@juno.com | 0001 | MTC-00010441
bobnaomi@juno.com | 0001 | MTC-00024770
BOBNVI@aol.com | 0001 | MTC-00009871
Bobowski, Eaman | 0001 | MTC-00000093
bobp@marketwriter.com | 0001 | MTC-00010931
Bobrow, Ann | 0001 | MTC-00009234
Bobs, Nancy | 0002 | MTC-00002845
bobskopek@juno.com | 0001 | MTC-00010458
bobtipt@netscape.net | 0001 | MTC-00021411
Boccon-Gibod, Jean-luc | 0001 | MTC-00023981
Bochantin, Leona | 0001 | MTC-00032561
Bock, David | 0001 | MTC-00027951
Bock, Delbert | 0001 | MTC-00032748
Bock, Harvey | 0001 | MTC-00020460
Bock, JB | 0001 | MTC-00021856
Bock, Wolf | 0001 | MTC-00006961
Bockhorst, Adam | 0001 | MTC-00011042
Bodden, Larry | 0001 | MTC-00019797
Bode, Agnes | 0002 | MTC-00033148
Bode, Jim | 0001 | MTC-00008926
Bode, Jim | 0001 | MTC-00003974
Bode, Jim | 0001 | MTC-00023311
Bode, John T. | 0001 | MTC-00031156
Boden, Al | 0001 | MTC-00008092
Bodenhammer, Lee | 0001 | MTC-00021439
Bodenstab, Mark | 0001 | MTC-00009229
Bodenstab, Mark H. | 0001 | MTC-00031219
Boder, Ryan | 0010 | MTC-00004837
Bodey, Hugh | 0001 | MTC-00021838
Bodhan, Khush | 0001 | MTC-00005732
Bodily, Gary | 0001 | MTC-00023182
Bodis, Steve | 0003 | MTC-00010508
Bodnar, Julie | 0001 | MTC-00012961
Bodo, Anthony E. | 0001 | MTC-00002051
Bodoia, Adelaide | 0001 | MTC-00002666
Body, Alfred C. | 0001 | MTC-00027816
Boe, Dale | 0002 | MTC-00029324
Boeger, Nathan | 0001 | MTC-00003609
Boehm, Kenneth | 0002 | MTC-00030342
Boehm, Ron | 0001 | MTC-00002545
Boehstein, Joe | 0002 | MTC-00033112
Boemmels, Larry | 0001 | MTC-00002619
Boer, Michael | 0001 | MTC-00017723
Boes, Eric | 0001 | MTC-00003877
Boesken, Richard | 0001 | MTC-00013237
Boesler, Susan | 0001 | MTC-00026259
Boester, Tim | 0001 | MTC-00023359
Boeynik, Jeff | 0001 | MTC-00030035
Bogaardt, Walter | 0005 | MTC-00025416
Bogan, Nick | 0002 | MTC-00004833
Bogan, R | 0001 | MTC-00014079
Bogar, Robert | 0002 | MTC-00002248
Bogard, Leonard | 0001 | MTC-00012977
Bogart, Bill | 0002 | MTC-00013932
Bogart, Don | 0002 | MTC-00009259
Bogart, Donald | 0001 | MTC-00030694
Bogdan, Stephen | 0001 | MTC-00029055
Bogdashevsky, Alexander | 0001 | MTC-00027243
Bogert, Larry | 0001 | MTC-00020147
Boggs, Christopher | 0001 | MTC-00032852
Boggs, Phil | 0001 | MTC-00008733
Boggs, Robert | 0002 | MTC-00012809
Bogosian, Matthew | 0001 | MTC-00016713
Bogott, Andrew | 0002 | MTC-00022816
Bogue, Lisa | 0001 | MTC-00018214
Bohach, Terry | 0001 | MTC-00002995
Bohan, James | 0001 | MTC-00028308
Bohling, Bill | 0001 | MTC-00015331
Bohlke, Karen | 0001 | MTC-00031015
Bohmbach, Thomas J. | 0001 | MTC-00018820
Bohmback, Jennifer S. | 0001 | MTC-00019935
Bohn, Dieter | 0001 | MTC-00015407
Bohn, Eric | 0001 | MTC-00000838
Bohnem, Frank | 0001 | MTC-00011055
Bohr, N. | 0001 | MTC-00000357
Bohumil, John D. | 0001 | MTC-00000983
Boingram@aol.com | 0001 | MTC-00007190
Bokon, Sylvia | 0001 | MTC-00014603
Bol, Chris | 0001 | MTC-00004561
Boland, Scott | 0001 | MTC-00023771
Boland, Tracy | 0001 | MTC-00018460
Bolbee, David | 0001 | MTC-00007756
Bolch, Georg | 0001 | MTC-00010793
Bolch, Georg | 0001 | MTC-00010981
Bold, Greg | 0001 | MTC-00024142
Bolden, Eric | 0001 | MTC-00017583
Bolden, Scott | 0004 | MTC-00021655
Bolding, Wendy | 0001 | MTC-00009965
Bolduc, Bruce | 0001 | MTC-00031786
Boleader, James H. | 0001 | MTC-00008350
Bolen, Michael | 0001 | MTC-00023347
Boler, Larry | 0001 | MTC-00028552
Boler, LArry | 0001 | MTC-00022131
Boles, Mark E. | 0001 | MTC-00019313
Bolie, Victor W. | 0002 | MTC-00010247
Bolin, Edward P. | 0002 | MTC-00023332
Bolin, James | 0001 | MTC-00013658
Bolin, Ron | 0001 | MTC-00025112
Bolling, Bill | 0002 | MTC-00031430
Bolner, D.J. | 0001 | MTC-00026607
Bolser, Susan | 0001 | MTC-00022248
Bolstad, Donna | 0001 | MTC-00013520
Bolt, Jerome | 0001 | MTC-00020528
Bolt, Jerome | 0002 | MTC-00032145
Bolton, Dwight | 0001 | MTC-00024889
Bolton, Eileen | 0002 | MTC-00033050
Boltz, Scott | 0005 | MTC-00021664
Bolvin, Tom | 0002 | MTC-00031892
Bolzer, Oliver M. | 0001 | MTC-00014892
Bolzern, Mark | 0003 | MTC-00008223
Boman, Lynn B. | 0001 | MTC-00008718
Boman, Richard W. | 0001 | MTC-00002192
bomar, Lucien | 0001 | MTC-00011633
Bombard, Peter W. | 0003 | MTC-00019304
Bombardier, James H. | 0001 | MTC-00020083
Bombs@aol.com | 0001 | MTC-00004966
Bona, Joseph | 0001 | MTC-00030736
Bonadio, Allan | 0001 | MTC-00000327
Bonar, Jeff | 0003 | MTC-00026672
Boncarosky | 0002 | MTC-00012773
Boncelet, Charles | 0002 | MTC-00027649
Bond, Andrew | 0001 | MTC-00016870
Bond, Jack | 0001 | MTC-00011020
Bond, James R. | 0001 | MTC-00031077
Bond, Jim | 0001 | MTC-00025558
Bond, Michael | 0001 | MTC-00019504
Bonderer, Ray | 0002 | MTC-00004421
Bonderman, Colin Lee | 0001 | MTC-00019686
Bondi, Joe | 0001 | MTC-00001040
Bondurant, Bill | 0001 | MTC-00026155
Bondy, Jon | 0001 | MTC-00017788
Bone, Gordon | 0001 | MTC-00025160
bone@apex.net | 0001 | MTC-00028123
Bonefacio, Adorabell | 0002 | MTC-00028069
Bonefacio, Bernie | 0001 | MTC-00028021
Bonelli, Neal | 0001 | MTC-00007561
Bonesteel, Jon | 0002 | MTC-00004256
Bonevich, John | 0001 | MTC-00018661
Bonfield, Michael J. | 0001 | MTC-00006549
Bonfiglio, Brian | 0001 | MTC-00017428
Bonfoey, Steve | 0001 | MTC-00028793
Bongers, Alex | 0001 | MTC-00014919
Bonham, Daniel | 0002 | MTC-00032218
Boni, Sandra | 0001 | MTC-00023667
Boni, Susan | 0001 | MTC-00015954
Bonifay, Kurt Sr. | 0001 | MTC-00012333
Bonilla, Pedro | 0001 | MTC-00000200
Bonin, J. | 0001 | MTC-00007258
Bonk, Sue | 0001 | MTC-00007710
Bonk, Sue | 0001 | MTC-00012036
Bonn, Tim | 0001 | MTC-00003191
Bonnanno, John | 0002 | MTC-00004660
Bonnell, Holly | 0001 | MTC-00031443
Bonner, Jeff | 0003 | MTC-00018610
Bonney, Elisabeth | 0001 | MTC-00027547
Bonney, Lee | 0001 | MTC-00023574
Bonnie, Murrie | 0002 | MTC-00014175
Bonow, Jerry | 0001 | MTC-00005150
Bonow, Jessy | 0001 | MTC-00010749
Bonte, Bill | 0001 | MTC-00002505
Bontz, Daniel | 0001 | MTC-00008430
bonwit69 | 0001 | MTC-00025174
bonzelet@voyager,net | 0001 | MTC-00017342
Bonzi, Jay | 0001 | MTC-00006014
Boody, Jeff | 0001 | MTC-00002631
Booher, John | 0001 | MTC-00024847
boojak@tubbs.net | 0001 | MTC-00017606
Book, Patricia | 0001 | MTC-00011362
Booker, Ryan | 0001 | MTC-00019637
Bookspan, Elizabeth | 0001 | MTC-00032552
Boome, Herb | 0001 | MTC-00030415
Boone, James | 0001 | MTC-00021516
Boone, Josephine | 0001 | MTC-00032380
Boone, Linda | 0001 | MTC-00010049
Boonham, Chris | 0001 | MTC-00007847
Boonstra, Charles | 0002 | MTC-00033323
Boop Collectibles | 0001 | MTC-00025468
boopster2626@aol.com | 0001 | MTC-00014502
Boopster2626@aol.com | 0001 | MTC-00011719
Booth, Brandon | 0001 | MTC-00017795
Booth, J. D. | 0002 | MTC-00018801
Boothby, Bob | 0002 | MTC-00033371
Boothby, Robert | 0002 | MTC-00023859
Boothe, Ronald and Dorothy | 0001 | MTC-00006296
Boothe, Steven | 0002 | MTC-00017541
Boots, Clifton | 0001 | MTC-00022327
Bootz, Rosalie M. | 0001 | MTC-00014500
Bora, Renu | 0001 | MTC-00023982
Boranko, John | 0001 | MTC-00020968
Borchardt, John | 0001 | MTC-00002555
Borcherdt, Wendy | 0001 | MTC-00021053
Borchers, John | 0001 | MTC-00012857
Borck, Henskanl | 0005 | MTC-00025282
Borczak, Richard | 0001 | MTC-00026265
Border, Pete | 0001 | MTC-00016607
Border, Peter | 0001 | MTC-00016653
Bordic, Jerry | 0001 | MTC-00005397
Borean, Wayne | 0001 | MTC-00029269
Boreck, Chet | 0002 | MTC-00033227
Borg, William | 0004 | MTC-00004255
Borgart, George | 0001 | MTC-00000276
Borgen, Paul | 0001 | MTC-00032936
Borger, John | 0001 | MTC-00010279
Borgerding, Ken | 0001 | MTC-00013946
Borgerding, Zachary | 0001 | MTC-00015341
Borges, John D. | 0001 | MTC-00032818
Borgnaes, Christian | 0001 | MTC-00015847
Borie, Jon | 0001 | MTC-00030988
Borie, Rick | 0001 | MTC-00013934
Boring, Randy | 0001 | MTC-00013784
Bork, John | 0001 | MTC-00026668
Borkholm, Clay | 0001 | MTC-00005376
Borko, Tom | 0003 | MTC-00029177
Borland, Brad | 0001 | MTC-00007056
Borland, Brad | 0002 | MTC-00026272
Borland, Bradford | 0001 | MTC-00014064
Borland, J. Bradford | 0001 | MTC-00030518
Borland, Lou and Vo, Viet | 0002 | MTC-00031700
Born, Jeff | 0001 | MTC-00015947
Bornelli, Baron | 0001 | MTC-00029161
Borner, Charles | 0001 | MTC-00024613
Borrello, Peter J. | 0001 | MTC-00023189
Borrill, Stephen | 0001 | MTC-00020366
Bort, Paul | 0001 | MTC-00015448
Bortle, Chris | 0001 | MTC-00017982
Bortles, Al | 0002 | MTC-00033610
Bortoluzzi, Daniele | 0001 | MTC-00002981
Borton, Phil | 0001 | MTC-00022908
Borwankar, Nitin | 0002 | MTC-00017855
Bory, Kevin | 0002 | MTC-00019600
Borys, Raymond | 0001 | MTC-00029529
Borza, Michael Jay | 0001 | MTC-00006259
Borzellino, Joe | 0001 | MTC-00001648
Bos, Rob | 0001 | MTC-00017601
Bosboom, Thomas | 0001 | MTC-00001868
Boschert, Joseph | 0001 | MTC-00004576
Bose, Laudric | 0001 | MTC-00026249
Bosland, Kris | 0001 | MTC-00017113
Bosland, Michael | 0001 | MTC-00017086
Bosputer@aol.com | 0001 | MTC-00014166
Bossa, Allen | 0001 | MTC-00009338
Bossbach, Shirley | 0001 | MTC-00032759
Bosscher, David | 0002 | MTC-00033028
Bossert, Greg | 0002 | MTC-00015197
Bossert, Ralph | 0002 | MTC-00014309
Bosshart, Donald | 0001 | MTC-00009735
Bostic, Karen | 0001 | MTC-00021043
Boston, Brittisha | 0002 | MTC-00029840
Boston, Miriam | 0001 | MTC-00022609
Boston, Sandi | 0001 | MTC-00006587
Bostrom, Doug | 0001 | MTC-00009769
Bostrom, Richard | 0001 | MTC-00031713
Boswell, David | 0001 | MTC-00016246
Bosworth, Dave | 0001 | MTC-00008837
Bosworth, Michael | 0001 | MTC-00012291
Boszko, Mark | 0001 | MTC-00027600
Botaitis, James | 0001 | MTC-00001727
Bothe, Fred | 0001 | MTC-00030305
Botkin, Don | 0002 | MTC-00032303
Botkin, Don | 0002 | MTC-00033614
Botkins, G. | 0001 | MTC-00015372
Botsford, Sherwood | 0002 | MTC-00002891
Bottero, Joseph | 0001 | MTC-00003020
Bottinelli, Colette | 0002 | MTC-00025252
Bottle, Bill | 0001 | MTC-00023274
Botton, Charles | 0001 | MTC-00007683
Botton, Or | 0001 | MTC-00025862
Bottorff, Sandra | 0001 | MTC-00029173
Bottorff, Sandra | 0001 | MTC-00009381
Botts, James | 0001 | MTC-00013978
Botts, James W. | 0001 | MTC-00005295
Botts, Jim and Shirley | 0001 | MTC-00013964
Botvin, Ivan | 0001 | MTC-00024493
Boudreau, Dale E. | 0002 | MTC-00001857
Boudrot, Daniel | 0001 | MTC-00024345
Bouis, Alexander | 0001 | MTC-00016680
Bouklas, James | 0001 | MTC-00020683
Boulais, Pamela | 0002 | MTC-00020025
Boulanger, Dick | 0001 | MTC-00011669
Boulis, Dick | 0001 | MTC-00032046
Boulware, Kristen | 0001 | MTC-00029683
Bound, Belize | 0001 | MTC-00005744
Boura, Malcolm | 0001 | MTC-00027588
Bourassa, Gregory | 0001 | MTC-00021520
Bourgeois, Carol | 0002 | MTC-00011939
Bourgeois, Thomas C. | 0002 | MTC-00018480
Bourgon, Michael | 0002 | MTC-00015366
Bourke, Matthew | 0001 | MTC-00002987
Bourvt, Jean-Claude | 0001 | MTC-00015058
Bourzeix, Stephane | 0002 | MTC-00002562
Bouscal, Dennis | 0001 | MTC-00005518
Bouse, Jim | 0001 | MTC-00019980
Boushee, Betty | 0001 | MTC-00011660
Bouton, Steve | 0001 | MTC-00014114
Boutros, Ed | 0001 | MTC-00024497
Boutwell, George | 0001 | MTC-00003182
Bouvier, Dennis J. | 0001 | MTC-00004212
Bouzek, Les | 0001 | MTC-00026890
Bovill, Adam | 0001 | MTC-00016900
Bovy, Grace | 0001 | MTC-00018097
Bovy, Stephen | 0001 | MTC-00018095
Bovy, Stephen | 0001 | MTC-00018115
Bow, Clara | 0001 | MTC-00004307
Bowen Devon | 0001 | MTC-00024556
Bowen, Carl | 0001 | MTC-00031338
Bowen, Glenda | 0001 | MTC-00012981
Bowen, Glenda | 0001 | MTC-00009529
Bowen, James W. | 0001 | MTC-00009625
Bowen, Kimberly | 0001 | MTC-00006122
Bowen, Michael | 0001 | MTC-00016981
Bowen, Michael | 0002 | MTC-00016752
Bowen, Tim | 0002 | MTC-00013622
Bower, Brad | 0001 | MTC-00013571
Bower, Dustan | 0002 | MTC-00027474
Bower, John | 0001 | MTC-00010178
Bowers | 0001 | MTC-00022542
Bowers, Ben | 0001 | MTC-00033817
Bowers, Eric | 0001 | MTC-00015110
Bowers, Harry | 0001 | MTC-00004869
Bowers, Joseph | 0002 | MTC-00016250
Bowers, Robert T. | 0001 | MTC-00015596
Bowers, Steven R. | 0001 | MTC-00004067
Bowersox, B. Richard | 0001 | MTC-00002720
Bowersox, B. Richard | 0001 | MTC-00012070
Bowersox, Eric J. | 0002 | MTC-00017047
Bowker, Adam | 0001 | MTC-00024528
Bowker, Bill | 0002 | MTC-00020075
Bowler, Don | 0001 | MTC-00009478
Bowler, Nate | 0001 | MTC-00018143
Bowler, Vince | 0001 | MTC-00010015
Bowles, Art | 0001 | MTC-00006910
Bowles, Robert | 0001 | MTC-00018856
Bowles, Thomas | 0001 | MTC-00022900
Bowlin, David | 0001 | MTC-00010056
Bowling, Anthony | 0001 | MTC-00022297
Bowling, Dare | 0001 | MTC-00009324
Bowling, Dave | 0001 | MTC-00009325
Bowling, Jill | 0001 | MTC-00014642
Bowling, Ron | 0001 | MTC-00021151
Bowlsby, Glenn | 0001 | MTC-00003083
Bowman, Curtis | 0001 | MTC-00021679
Bowman, Danny | 0001 | MTC-00001383
Bowman, David | 0001 | MTC-00029009
Bowman, Donald | 0001 | MTC-00022815
Bowman, Gordon W. | 0001 | MTC-00032047
Bowman, J.C. | 0002 | MTC-00009198
Bowman, JC | 0003 | MTC-00010076
Bowman, John | 0001 | MTC-00012957
Bowman, John | 0001 | MTC-00014353
Bowman, Ken | 0001 | MTC-00018519
Bowman, Patrick | 0001 | MTC-00017841
Bowman, Paul | 0001 | MTC-00012674
Bowman, Sam | 0001 | MTC-00017161
Bown, Philip | 0002 | MTC-00003793
Bowser, Roger | 0001 | MTC-00009911
Bowyer, Joe | 0001 | MTC-00007149
box010831 | 0001 | MTC-00016080
Boxenbaum, Stuart | 0001 | MTC-00000880
Boxer, Evan | 0001 | MTC-00033838
BoyCottPapaJohns@ aol.com | 0001 | MTC-00016594
Boyd, Andrew | 0001 | MTC-00020778
Boyd, Andrew | 0002 | MTC-00032222
Boyd, Andy | 0001 | MTC-00012888
Boyd, Anthony | 0001 | MTC-00019338
Boyd, Anthony | 0001 | MTC-00003452
Boyd, Brian | 0001 | MTC-00010713
Boyd, Bruce | 0002 | MTC-00032255
Boyd, Carlotta | 0001 | MTC-00030529
Boyd, Charles | 0001 | MTC-00029457
Boyd, Daniel | 0002 | MTC-00016692
Boyd, Fred | 0001 | MTC-00006572
Boyd, George M. | 0001 | MTC-00027553
Boyd, James | 0001 | MTC-00013728
Boyd, Jason | 0001 | MTC-00002404
Boyd, Joyce | 0001 | MTC-00014834
Boyd, Mark | 0001 | MTC-00004924
Boyd, Mary | 0001 | MTC-00021515
Boyd, Patrick | 0001 | MTC-00023057
Boyd, R. L. | 0002 | MTC-00004218
Boyd, Wes | 0001 | MTC-00008251
Boyer, Charles | 0001 | MTC-00000244
Boyer, Jonathan | 0001 | MTC-00005372
Boyer, Ken | 0001 | MTC-00005596
Boyer, Robert | 0001 | MTC-00029333
Boyer, Thomas | 0001 | MTC-00009040
Boyes, Jesse | 0001 | MTC-00018165
Boyette, Charles | 0002 | MTC-00032275
Boyette, Charles | 0002 | MTC-00032506
Boykin, Dennis | 0002 | MTC-00017474
Boykin, Joseph | 0001 | MTC-00009144
Boykin, Joseph | 0001 | MTC-00001465
Boyle, Charles | 0001 | MTC-00029236
Boyle, Dave | 0001 | MTC-00000844
Boyle, Jimmy | 0001 | MTC-00005749
Boyle, Kevin | 0001 | MTC-00024564
Boyle, Marsha E. | 0001 | MTC-00008687
Boynton, Benjamin C. | 0001 | MTC-00004302
Boynton, John | 0002 | MTC-00022613
Boynton, Lee | 0001 | MTC-00018189
Boysen, Bob | 0001 | MTC-00008831
Bozarth, John | 0001 | MTC-00020590
Bozin, Vince | 0001 | MTC-00020946
Bplshnre@cs.com | 0001 | MTC-00008290
Braasovan, Jane | 0001 | MTC-00025957
Brace, Jerry | 0001 | MTC-00022277
Brace, Stuart | 0001 | MTC-00006263
Bracken, Marlin N. | 0001 | MTC-00026873
Bracken, William | 0001 | MTC-00026170
Brackett, D. Carroll | 0001 | MTC-00024775
Brade, C. R. | 0001 | MTC-00004619
Braden, Nancy | 0001 | MTC-00031825
Braden, Randall | 0001 | MTC-00033849
Bradet, Francois | 0001 | MTC-00017059
Bradford, David W. | 0001 | MTC-00018906
Bradford, Gerald and Hazel | 0001 | MTC-00021529
Bradford, Gregory | 0002 | MTC-00018083
Bradford, Ricahrd | 0001 | MTC-00025294
Bradlee, Merrill and Adele | 0001 | MTC-00014062
Bradley, Andrew | 0001 | MTC-00013441
Bradley, Bernard | 0002 | MTC-00023316
Bradley, Charles | 0002 | MTC-00026737
Bradley, Chris | 0001 | MTC-00002126
Bradley, Christopher | 0002 | MTC-00027597
Bradley, Dave | 0001 | MTC-00024972
Bradley, Elizabeth | 0002 | MTC-00028661
Bradley, Florence | 0001 | MTC-00007126
Bradley, Frank | 0001 | MTC-00012985
Bradley, John | 0001 | MTC-00005913
Bradley, Karen | 0001 | MTC-00007343
Bradley, Leonard | 0001 | MTC-00006381
Bradley, Marshall | 0001 | MTC-00014245
Bradley, Paul | 0001 | MTC-00017741
Bradley, Rick | 0004 | MTC-00019100
Bradley, Stephen | 0001 | MTC-00002779
Bradley, Vernon | 0001 | MTC-00006398
Bradley, Vince | 0001 | MTC-00027534
Bradley, Vince | 0001 | MTC-00033572
Bradshaw, Chris | 0001 | MTC-00004685
Bradshaw, George | 0001 | MTC-00012584
Brady, Davo | 0001 | MTC-00023968
Brady, Jack | 0001 | MTC-00023898
Brady, Jack | 0001 | MTC-00033388
Brady, Joe | 0002 | MTC-00027981
Brady, John Sr. | 0001 | MTC-00012308
Brady, Luke | 0002 | MTC-00017329
Brady, Robert | 0001 | MTC-00007872
Brady, Wayne | 0001 | MTC-00008643
Braehman, Fred | 0001 | MTC-00030869
Brager, Diana | 0002 | MTC-00018772
Brager, James | 0001 | MTC-00006603
Brager, Jim | 0002 | MTC-00001447
Bragg, Loni | 0001 | MTC-00000029
Bragin, S. | 0001 | MTC-00006131
Braiger, Marilyn | 0001 | MTC-00025982
Braiger, Marilyn | 0002 | MTC-00030230
Brainback, Rick | 0001 | MTC-00022366
Brajkovic, John | 0002 | MTC-00029468
Brake, Dennis | 0001 | MTC-00001908
Brakvatne, Rolf | 0001 | MTC-00026785
Bralski, James | 0001 | MTC-00025870
braly, Charles | 0001 | MTC-00032762
Braly, James | 0001 | MTC-00032846
Braly, Rachel | 0001 | MTC-00032972
Bramlitt, Joel | 0001 | MTC-00008847
Bramwell, Scott | 0001 | MTC-00029216
Branagan, Michael | 0001 | MTC-00020779
Brancato, Tony | 0001 | MTC-00019413
Branczyk, Stephan | 0002 | MTC-00003621
Brand, Chris | 0002 | MTC-00011455
Brand, Cynthia | 0001 | MTC-00024163
Brand, Estelle | 0001 | MTC-00031703
Brandel, Brian J. | 0001 | MTC-00019066
Brandenburg, Bill and Fran | 0001 | MTC-00006488
Brandenburg, Bob | 0001 | MTC-00007302
Brandl, Christian | 0001 | MTC-00020253
Brandligt, Bruce | 0002 | MTC-00002556
Brandner, Doug | 0001 | MTC-00002285
Brandon, Richard | 0001 | MTC-00029116
brandon64—99@yahoo.com | 0001 | MTC-00021974
Brandt, Braswell | 0003 | MTC-00017353
Brandt, Daniel | 0002 | MTC-00017849
Brandt, David | 0001 | MTC-00016376
Brandt, David | 0001 | MTC-00006681
Brandt, Jim | 0001 | MTC-00022124
Brandt, Robert | 0001 | MTC-00033851
Brandyrd@aol.com | 0001 | MTC-00009494
Branley, Thomas | 0001 | MTC-00006206
Brann, Sean | 0001 | MTC-00018251
Branner, Jim | 0001 | MTC-00027148
Branney, Sean | 0001 | MTC-00001482
Brannon, Anna Gallegos | 0002 | MTC-00028276
Brannon, Michael H. | 0001 | MTC-00030834
Branscomb, Harvie | 0001 | MTC-00024003
Bransky, Alex | 0001 | MTC-00004522
Brant, Ed | 0001 | MTC-00029181
Brant, Mike | 0001 | MTC-00022469
Brant, Rosemary | 0001 | MTC-00007366
Brantingham, Jeanne | 0002 | MTC-00032173
Brantley, Paul | 0001 | MTC-00015196
Branton, Marliere | 0001 | MTC-00031395
Branton, Michael | 0001 | MTC-00001753
Branton, Russell | 0001 | MTC-00013352
Brantseg, Bruce M. | 0001 | MTC-00001665
Branzuela, Robert | 0001 | MTC-00030027
brarnam@atmc.net | 0001 | MTC-00028165
Braswell, Carolyn | 0001 | MTC-00006480
Bratredser, Sean | 0003 | MTC-00003781
Bratsanos, James | 0001 | MTC-00005529
Bratt, Steve | 0001 | MTC-00017623
Bratton, Alex | 0001 | MTC-00016480
Bratton, Erich | 0001 | MTC-00016301
Bratton, Erich | 0001 | MTC-00016315
Brauchler, Kenneth | 0002 | MTC-00002245
Braude, Elizabeth | 0001 | MTC-00026274
Brauer, Adrienne | 0001 | MTC-00005122
Brauer, Elden | 0001 | MTC-00020783
Brauer, Robert N. | 0003 | MTC-00025103
Braun, Bill | 0001 | MTC-00032316
Braun, Bill | 0001 | MTC-00032375
Braun, Burk | 0002 | MTC-00003233
Braun, Carl | 0001 | MTC-00022755
Braun, Eric | 0001 | MTC-00020891
Braun, Geoff | 0001 | MTC-00002057
Braun, Richard M. | 0001 | MTC-00019447
Braun, Warren | 0001 | MTC-00023296
Braunann, Dlaude | 0001 | MTC-00025159
Brauner, Herbert | 0001 | MTC-00006154
Braunstein, Aaron | 0001 | MTC-00001197
Brauwerman, Michael | 0001 | MTC-00019425
Bravy, Steve | 0001 | MTC-00003635
Brawford, Hugh B. | 0001 | MTC-00028309
Bray | 0001 | MTC-00000063
Bray | 0001 | MTC-00032242
Bray, R | 0001 | MTC-00013114
Bray, Teresa | 0001 | MTC-00026177
Bray, Tim | 0002 | MTC-00017821
Bray, Tony | 0002 | MTC-00009534
Brazil, Frank | 0001 | MTC-00029470
Brazil, Joel | 0001 | MTC-00006660
Brazil, Philip | 0001 | MTC-00029405
Brazzi, Ross | 0001 | MTC-00027590
Breaux, Tim | 0002 | MTC-00004678
Brechler, Carl | 0001 | MTC-00027667
Brede, Lovlie | 0001 | MTC-00009668
Bredemeyer, Kris | 0001 | MTC-00011288
Bredeweg@wt6.usdog.gov | 0001 | MTC-00009819
Breeden, Gary | 0003 | MTC-00027695
Breedveld, Jake | 0001 | MTC-00029604
Breheny, Ian | 0001 | MTC-00022043
Breheny, Temy | 0001 | MTC-00001264
Brehm, Bruce | 0001 | MTC-00001644
Brehm, Bruce | 0001 | MTC-00001649
Brehm, Frederick W. | 0002 | MTC-00019770
Brehob, Mark | 0001 | MTC-00015517
Breidecker, Robert | 0001 | MTC-00004031
Breiderbach, Cecelia | 0001 | MTC-00012005
Breitbart, Doug | 0001 | MTC-00022906
Breitman, Jerald A. | 0001 | MTC-00027233
Breitner, Jeff | 0003 | MTC-00025398
Breland, Martin | 0001 | MTC-00016551
Brelvik, Mary | 0002 | MTC-00028919
Bremer, Bill | 0002 | MTC-00023721
Bremer, Walter | 0001 | MTC-00020037
Bremmer, Beth | 0001 | MTC-00020059
Bremmer, Daniel | 0001 | MTC-00018842
Bremner, Philip | 0001 | MTC-00005505
Brence, Cher | 0001 | MTC-00026019
Brence, Philo | 0001 | MTC-00023082
Brendan | 0001 | MTC-00019479
Brendan | 0001 | MTC-00019390
Brendel, Gregory J. | 0002 | MTC-00027459
Brendsel, Richard | 0001 | MTC-00024198
Breneman, Janet | 0001 | MTC-00012649
Brengle Jr., Rolland | 0001 | MTC-00029398
Brennan, BJ | 0001 | MTC-00021549
Brennan, Doug | 0001 | MTC-00006199
Brennan, Greg | 0001 | MTC-00003244
Brennan, Houston | 0001 | MTC-00020275
Brennan, Jim | 0001 | MTC-00022251
Brennan, Joe | 0001 | MTC-00029973
Brennan, Joe and Betty | 0001 | MTC-00028406
Brennan, Michael | 0001 | MTC-00033796
Brennan, Mike | 0001 | MTC-00000659
Brennan, Rich | 0001 | MTC-00024007
Brennan, Scott | 0002 | MTC-00029077
Brennan, Scott | 0001 | MTC-00029073
Brenneke, Richard | 0001 | MTC-00007289
Brenneman, Robert J. | 0001 | MTC-00015780
Brenner, Harold | 0002 | MTC-00033037
Brenner, Jerome | 0002 | MTC-00033426
Brenner, Joseph M. | 0001 | MTC-00023419
Brenner, Marc | 0001 | MTC-00027542
Brenner, Marc | 0001 | MTC-00033684
Brenner, Paul | 0001 | MTC-00022255
Brenner, Ramsey G. | 0001 | MTC-00004845
Brent, Bill | 0001 | MTC-00008311
Brent, Brent | 0001 | MTC-00023718
Brents, Jim | 0001 | MTC-00009821
Brents, Sandi | 0001 | MTC-00009829
Bresett, Norman | 0001 | MTC-00032743
Bress, Diana | 0001 | MTC-00009451
Bressler, Bob | 0002 | MTC-00026252
Bressman, Bill | 0001 | MTC-00005682
Breton, Mark | 0001 | MTC-00009545
Bretschneider, Richard | 0001 | MTC-00016617
Brett, Catherine | 0001 | MTC-00028052
Brett, Darrell C. | 0001 | MTC-00005797
Breuer, William J. | 0001 | MTC-00007685
Brewer, Chris | 0001 | MTC-00021339
Brewer, Cleo | 0001 | MTC-00022527
Brewer, Daniel | 0001 | MTC-00027263
Brewer, Gregory | 0001 | MTC-00010847
Brewer, Michael | 0002 | MTC-00004009
Brewer, Patrick | 0001 | MTC-00000015
Brewer, Steven | 0001 | MTC-00004478
Brewer, Ty | 0002 | MTC-00015358
Brewis, Bill | 0001 | MTC-00001223
Brewis, Bill | 0001 | MTC-00012917
Brewster, Aaron | 0001 | MTC-00018171
Brewster, Aubrey | 0001 | MTC-00009095
Brewster, Aubrey | 0001 | MTC-00032399
Breyer, Ellen | 0001 | MTC-00001516
Breyer, Eva | 0001 | MTC-00020287
Breyer, John | 0001 | MTC-00007224
Breza, Edward | 0001 | MTC-00013011
Bria, Joseph | 0001 | MTC-00006577
Brian | 0001 | MTC-00025749
Brian | 0001 | MTC-00001724
Brian Karen | 0001 | MTC-00000154
Brian, Brent | 0001 | MTC-00004893
Brian, Kurt | 0002 | MTC-00018338
brian@cali.ixlabs.com | 0001 | MTC-00017799
brians@110.net | 0001 | MTC-00028158
brian—l | 0001 | MTC-00025765
briardcptd.net | 0001 | MTC-00024251
Briccetti,Jon | 0001 | MTC-00023675
BRice10273@aol.com | 0001 | MTC-00028804
Bricker, Michael | 0001 | MTC-00006181
Bricker, Stephanie | 0002 | MTC-00027480
Brickley, Roy | 0001 | MTC-00015466
Brickman, Thor | 0001 | MTC-00017947
Brickman,Thor | 0001 | MTC-00017959
Brickner, David | 0003 | MTC-00016536
Briden, Shirley | 0001 | MTC-00032717
Bridge, Bill | 0001 | MTC-00019262
Bridge, Jeffrey | 0001 | MTC-00016690
Bridge, Jeffrey | 0001 | MTC-00016674
Bridgeo, Harry | 0001 | MTC-00007559
Bridges, John | 0001 | MTC-00022123
Bridges, Kenneth | 0001 | MTC-00033487
Bridges, Rob | 0004 | MTC-00031617
Bridgewater, Gary | 0002 | MTC-00026601
Bridgwater, Benedict | 0002 | MTC-00000886
brigebrite@aol.com | 0001 | MTC-00000957
Brigebrite@aol.com | 0001 | MTC-00006056
Briggs, Albert | 0001 | MTC-00029059
Briggs, Don | 0001 | MTC-00027850
Briggs, Edward | 0002 | MTC-00033643
Briggs, James | 0001 | MTC-00020494
Briggs, Joseph | 0001 | MTC-00028253
Briggs, Lee | 0001 | MTC-00002592
briggs, Sam | 0001 | MTC-00005848
Brigham, Don | 0001 | MTC-00010038
Bright, Carl | 0001 | MTC-00000807
Bright, Josh | 0001 | MTC-00016257
Bright, Keith and Jane | 0001 | MTC-00009135
Brightup, Earl D. | 0001 | MTC-00001005
Briley, Lloyd | 0001 | MTC-00013959
Brilton, Nicolas | 0001 | MTC-00018594
Brine, Derek | 0001 | MTC-00012691
Brink, Christian | 0001 | MTC-00018181
Brinke, Jerry | 0001 | MTC-00026052
Brinkerhaff, Kris | 0001 | MTC-00013542
Brinkerhoff, Kris | 0002 | MTC-00010298
Brinkley, Bill | 0002 | MTC-00019782
Brinkley, Buddy | 0001 | MTC-00014162
Brinley, Lawrence | 0002 | MTC-00016709
Brinson, Betsy | 0001 | MTC-00011758
Brisendine, John F. | 0001 | MTC-00009946
Brislavon, Mary | 0002 | MTC-00026978
Brisolara, A | 0001 | MTC-00012047
Brisolara, A. | 0001 | MTC-00007523
Brissette, John | 0001 | MTC-00031257
Brister, Madison and Judy | 0001 | MTC-00023069
Bristol, David | 0001 | MTC-00003122
Bristow, Cliff | 0001 | MTC-00007665
Brito, Maria | 0001 | MTC-00029721
Britt, Christopher | 0001 | MTC-00029729
Brittain, Larry L. | 0001 | MTC-00008854
Brittain, Pat | 0001 | MTC-00008613
Brittenham, Matt | 0001 | MTC-00004668
britter@dfn.com | 0001 | MTC-00021424
Britton, Russ | 0001 | MTC-00026697
Broaddus, Jack | 0001 | MTC-00013882
Broadnell, Geoffrey | 0003 | MTC-00027063
Broadwell, Jonathan | 0001 | MTC-00018179
Broberg, Ronald | 0001 | MTC-00005853
Brocato | 0001 | MTC-00000390
Broccardo, Jason | 0001 | MTC-00025618
Brock, Frederick | 0001 | MTC-00011091
Brock, Matthew | 0002 | MTC-00023169
Brocka, Lori | 0001 | MTC-00032086
Brockdorf, Jason | 0001 | MTC-00002473
Brockerman, Steve | 0003 | MTC-00031949
Brockerman, Steven | 0002 | MTC-00020524
Brockington, Ann | 0001 | MTC-00019456
Brockmeier, Joe | 0002 | MTC-00003341
Brockmeyer, Karl | 0001 | MTC-00002229
Brockway, Greg | 0001 | MTC-00028943
Brode, Robert E. | 0001 | MTC-00009861
Broder, James | 0001 | MTC-00002548
Broderick, Brandon | 0001 | MTC-00003221
Brodie, Irin | 0001 | MTC-00030644
Brodin, Eric | 0001 | MTC-00029666
Brodnax, Bruce | 0001 | MTC-00022606
Brody | 0001 | MTC-00016085
Brody, A. | 0002 | MTC-00002163
Brody, Abraham | 0003 | MTC-00005014
Brody, Bill | 0001 | MTC-00014927
Broering, Tim R. | 0002 | MTC-00024905
Brofka, Edward | 0002 | MTC-00008549
Brofman, Alexander | 0001 | MTC-00023348
Broggy, Michael | 0001 | MTC-00017367
Broidy, N | 0001 | MTC-00011848
Broman, Tom | 0001 | MTC-00028451
Bromberg, Ken | 0001 | MTC-00016565
Bromley, Bruce | 0001 | MTC-00027092
Bromley, Louis | 0001 | MTC-00012595
Bromley, Matthew | 0001 | MTC-00027615
Bromman, Chester E. | 0001 | MTC-00030511
Broms, Charles | 0001 | MTC-00028382
Brone, John | 0001 | MTC-00014731
Bronger, John | 0001 | MTC-00009462
Bronshteyn, Yev | 0001 | MTC-00004614
Bronshteyn, Yev | 0001 | MTC-00004615
Bronson, Boyd | 0001 | MTC-00029539
Bronson, Jim | 0001 | MTC-00025906
Bronson, Jim | 0001 | MTC-00033468
Bronson, Rick | 0001 | MTC-00022618
Bronstein, Seymour | 0001 | MTC-00023491
Bronto | 0001 | MTC-00000160
Bronton, Anre | 0001 | MTC-00008754
Brook, Michael | 0001 | MTC-00001490
Brook, Yaron | 0003 | MTC-00031619
Brook, Yaron and Ghate, Onkar | 0003 | MTC-00032064
Brookes, Craig | 0001 | MTC-00020079
Brookes, Dave | 0001 | MTC-00003890
Brookes, David | 0002 | MTC-00009732
Brookes, David | 0001 | MTC-00011521
Brooks, Alan | 0001 | MTC-00001659
Brooks, Bernard J. | 0002 | MTC-00030799
Brooks, Bill | 0001 | MTC-00024395
Brooks, Brad | 0001 | MTC-00004480
Brooks, Colette | 0001 | MTC-00025703
Brooks, Conway | 0001 | MTC-00031795
Brooks, Dale | 0001 | MTC-00014041
Brooks, Donna | 0001 | MTC-00021828
Brooks, Donna | 0001 | MTC-00032628
Brooks, E. Glenn | 0001 | MTC-00025621
Brooks, Floyd | 0001 | MTC-00031751
Brooks, Harold L. | 0002 | MTC-00017362
Brooks, John | 0001 | MTC-00020886
Brooks, Katherine | 0001 | MTC-00022551
Brooks, Kay | 0001 | MTC-00021923
Brooks, Leon | 0006 | MTC-00004273
Brooks, Marc | 0001 | MTC-00004014
Brooks, Rama | 0003 | MTC-00010734
Brooks, Roy | 0001 | MTC-00021808
Brooks, Roy | 0001 | MTC-00021814
Brooks, Scott | 0001 | MTC-00008688
Brooks, Steve | 0001 | MTC-00000334
Brooks, Steve | 0001 | MTC-00008709
brookt1@gte.net | 0001 | MTC-00028080
Broom, Tim | 0001 | MTC-00031128
Broonan, David | 0001 | MTC-00009473
Brophy, Kathryn | 0001 | MTC-00024933
Brosan, John D. | 0001 | MTC-00027840
Brosan, Kimberly | 0001 | MTC-00027916
Broscious, Lee | 0001 | MTC-00021218
Brosnahan, Richard | 0001 | MTC-00011095
Brothers, Michael | 0001 | MTC-00006968
Broughton, Dan | 0001 | MTC-00008277
Broumley, Alma | 0001 | MTC-00012941
Broun, Terry | 0001 | MTC-00003480
Brouse, Chuck | 0001 | MTC-00006751
Broussard, Craig T. | 0002 | MTC-00029716
Broussard, Elizabeth | 0001 | MTC-00012673
Broussard, James | 0001 | MTC-00029042
Brower, David | 0001 | MTC-00016610
Browman, Vincent | 0001 | MTC-00021912
Brown Harold C. | 0001 | MTC-00030231
Brown Jr., W. Thackora | 0001 | MTC-00031841
Brown, Adam | 0001 | MTC-00018069
Brown, Andrew | 0001 | MTC-00003364
Brown, Ardith | 0001 | MTC-00025963
Brown, Ben | 0001 | MTC-00016762
Brown, Bernadine M. | 0001 | MTC-00017730
Brown, Bob | 0001 | MTC-00021551
Brown, Bonnie J. | 0001 | MTC-00010134
Brown, Carey | 0001 | MTC-00003687
Brown, Carl | 0001 | MTC-00018662
Brown, Charles | 0001 | MTC-00031765
Brown, Charles | 0001 | MTC-00022886
Brown, Charles | 0001 | MTC-00027318
Brown, Charlie | 0001 | MTC-00032718
Brown, Chris | 0001 | MTC-00028036
Brown, Curtis J. | 0001 | MTC-00020041
Brown, Damon | 0001 | MTC-00017014
Brown, Dan | 0001 | MTC-00002381
Brown, Daniel | 0002 | MTC-00025692
Brown, Daniel | 0002 | MTC-00015265
Brown, Danny | 0002 | MTC-00009432
Brown, Darlene | 0001 | MTC-00026440
Brown, Darrick | 0003 | MTC-00024903
Brown, Dave | 0001 | MTC-00016764
Brown, David | 0001 | MTC-00024913
Brown, David F. | 0002 | MTC-00014826
Brown, Dennis | 0001 | MTC-00008696
Brown, Don | 0001 | MTC-00006672
Brown, Donna | 0001 | MTC-00014743
Brown, Doris | 0001 | MTC-00020486
brown, doug | 0001 | MTC-00006628
Brown, Doug | 0001 | MTC-00006626
Brown, Ella | 0001 | MTC-00012453
Brown, Erwin | 0001 | MTC-00009852
Brown, Frank | 0001 | MTC-00008625
Brown, Frank | 0001 | MTC-00002543
Brown, Frank W. | 0001 | MTC-00030000
Brown, Fred | 0001 | MTC-00004082
Brown, George | 0001 | MTC-00029487
Brown, Glen | 0002 | MTC-00011154
Brown, Harold | 0001 | MTC-00012468
Brown, Helen G. | 0001 | MTC-00014013
Brown, Helen G. | 0001 | MTC-00014134
Brown, J. Crozier | 0001 | MTC-00031857
Brown, James | 0001 | MTC-00021766
Brown, Jason | 0001 | MTC-00003359
Brown, Jeremy | 0003 | MTC-00009823
Brown, Jim | 0001 | MTC-00000602
Brown, Jim | 0002 | MTC-00003794
Brown, John | 0001 | MTC-00007572
Brown, John A. | 0002 | MTC-00004026
Brown, Johnathan | 0001 | MTC-00014474
Brown, Jomo K. | 0001 | MTC-00020064
Brown, Joseph | 0001 | MTC-00016804
Brown, Joseph L. | 0002 | MTC-00000777
Brown, Joshua | 0001 | MTC-00000783
Brown, Joy | 0001 | MTC-00000637
Brown, Joy and Lila | 0001 | MTC-00008944
Brown, Ken | 0001 | MTC-00028725
Brown, Ken | 0007 | MTC-00028697
Brown, Kenneth | 0001 | MTC-00012158
Brown, Kenneth | 0007 | MTC-00030062
Brown, Kerwin | 0001 | MTC-00027136
Brown, Kevin | 0001 | MTC-00009269
Brown, Kody | 0001 | MTC-00003131
Brown, Laura | 0001 | MTC-00025322
Brown, Lawrence | 0001 | MTC-00013502
Brown, Leif | 0001 | MTC-00015627
Brown, Marshal A. | 0001 | MTC-00011485
Brown, Mary Douglas | 0001 | MTC-00031096
Brown, Matt | 0001 | MTC-00016584
Brown, Matthew | 0001 | MTC-00020877
Brown, Miriam | 0001 | MTC-00008629
Brown, Nancy | 0001 | MTC-00002508
Brown, Paul | 0001 | MTC-00020856
Brown, Peter | 0001 | MTC-00009211
Brown, Raymon | 0002 | MTC-00032457
Brown, Raymond | 0002 | MTC-00030120
Brown, Ricky | 0001 | MTC-00023321
Brown, Rob | 0001 | MTC-00002706
Brown, Rob | 0001 | MTC-00002758
Brown, Robert | 0002 | MTC-00033675
Brown, Robert | 0001 | MTC-00018883
Brown, Robert | 0001 | MTC-00029022
Brown, Robert T. | 0001 | MTC-00015013
Brown, Robin | 0001 | MTC-00022056
Brown, Ron | 0001 | MTC-00012586
Brown, S. Neal | 0001 | MTC-00031710
Brown, Sam | 0001 | MTC-00008355
Brown, Sam | 0001 | MTC-00008364
Brown, Sandra | 0001 | MTC-00012078
Brown, Sandra | 0001 | MTC-00031873
Brown, Sarah | 0001 | MTC-00017790
Brown, Scott | 0001 | MTC-00015810
Brown, Scott | 0001 | MTC-00022925
Brown, Shamus | 0001 | MTC-00024826
Brown, Shilar | 0001 | MTC-00018813
Brown, Skip | 0002 | MTC-00001267
Brown, Stan | 0001 | MTC-00029228
Brown, Steve | 0001 | MTC-00010811
Brown, Steven | 0002 | MTC-00032504
Brown, Susan | 0001 | MTC-00012832
Brown, Susan | 0001 | MTC-00014737
Brown, Ted | 0006 | MTC-00027292
Brown, Terry | 0001 | MTC-00008271
Brown, Terry | 0001 | MTC-00021790
Brown, Thomas J. | 0002 | MTC-00008104
Brown, Tom | 0001 | MTC-00015790
Brown, Tom | 0001 | MTC-00019921
Brown, Vicki | 0001 | MTC-00017587
Brown, Walter | 0004 | MTC-00009172
Brown, Willie | 0001 | MTC-00033825
Brown, Willis | 0002 | MTC-00032184
Brown, Willis | 0001 | MTC-00030398
Brown, Willis F. | 0001 | MTC-00030388
Brownbearman@cs.com | 0001 | MTC-00007645
Browne, Charlie | 0002 | MTC-00032821
Browne, Kris | 0001 | MTC-00022926
Browne, Roger | 0001 | MTC-00008022
Browne, Trenton | 0001 | MTC-00014221
Brownell, David | 0001 | MTC-00016398
Brownell, Davis | 0010 | MTC-00026190
Brownell, Rudy and Norma | 0001 | MTC-00000989
Browner, Robert | 0002 | MTC-00027699
Browning, Carl | 0001 | MTC-00020097
Browning, Connie | 0001 | MTC-00028298
Browning, Mary | 0001 | MTC-00011774
Browning, MIke | 0001 | MTC-00030087
Browning, Philip | 0001 | MTC-00003193
Browning, Raymond | 0001 | MTC-00008433
Browning, William | 0001 | MTC-00008105
Brownlee, George | 0001 | MTC-00000122
Brownsberger, kenneth | 0001 | MTC-00021805
Brownstein, Barbara | 0001 | MTC-00031862
Brownstein, Marc | 0001 | MTC-00032002
Broyles, Arthur | 0001 | MTC-00030180
Broyles, J. Thomas | 0001 | MTC-00009440
Broyles, Peggy | 0001 | MTC-00030184
Broyles, Peggy | 0001 | MTC-00028917
brtlyv60@msn.com | 0001 | MTC-00011437
Brubaker, Alex | 0001 | MTC-00011670
Brubaker, Alex | 0002 | MTC-00013944
Brubaker, Anita | 0001 | MTC-00025289
Brubaker, Hillary | 0001 | MTC-00013920
Brubaker, James | 0001 | MTC-00029401
Brubaker, Norman | 0002 | MTC-00033259
Brubaker, Richard | 0001 | MTC-00000095
Brubaker, Rosemary | 0001 | MTC-00029356
Brubaker, Tony | 0001 | MTC-00027917
Brublay, Peter | 0002 | MTC-00019492
Bruce | 0001 | MTC-00014067
Bruce | 0001 | MTC-00023030
Bruce, Barbara | 0001 | MTC-00021770
Bruce, James | 0002 | MTC-00015547
Bruce, John | 0001 | MTC-00003513
Bruce, Kecia | 0001 | MTC-00005458
Bruce, Kecia | 0001 | MTC-00005473
BruceG@tisi.com | 0001 | MTC-00000153
bruceherz@hotmail.com | 0001 | MTC-00024255
bruce—amberson@yahoo.com | 0001 | MTC-00024809
Brugger, John | 0001 | MTC-00014391
Brugger, John | 0001 | MTC-00028913
Bruggner, Robert | 0001 | MTC-00022130
Bruington, Braden | 0001 | MTC-00014087
Bruins, Mike | 0001 | MTC-00003645
Brumett, Bert | 0001 | MTC-00009614
Brumley, David | 0001 | MTC-00017004
Brumley, James M. | 0002 | MTC-00007110
Brumlik, Marc | 0002 | MTC-00000310
Brumm, Joseph | 0001 | MTC-00010501
Brumm, Michael R. | 0001 | MTC-00024840
Brumpton, Richard G. | 0001 | MTC-00018356
Brumwell, James | 0001 | MTC-00005086
Brunasso, Susan | 0001 | MTC-00012045
Brundege, James | 0002 | MTC-00004388
Bruneau, Paul | 0001 | MTC-00013344
Bruning, Kim | 0003 | MTC-00018708
Brunk, Betsey King | 0001 | MTC-00024088
Brunke, Juergen | 0001 | MTC-00011764
Brunn, David | 0002 | MTC-00005227
Brunner, Frank | 0002 | MTC-00033205
Brunner, Josef | 0001 | MTC-00028400
Brunner, Paul G. | 0001 | MTC-00005712
Bruno, Alexander | 0001 | MTC-00015244
Bruno, Donna | 0001 | MTC-00003529
Bruno, Mary | 0001 | MTC-00030452
Bruno, Rocco | 0001 | MTC-00013862
Brunskill, Michael | 0002 | MTC-00008280
Brunswick, Les | 0001 | MTC-00009764
Brunwin, Herbert | 0001 | MTC-00025952
Bruschi, Gene | 0001 | MTC-00005495
Brush, Neil | 0001 | MTC-00017502
Bruss, Patrick | 0001 | MTC-00020705
Bruton, Sean | 0001 | MTC-00019364
Bruton, Tony | 0001 | MTC-00022186
Bruun, Henrik | 0001 | MTC-00010798
Bryam, Mark | 0001 | MTC-00002978
Bryan, Bill | 0001 | MTC-00018471
Bryan, Brent | 0001 | MTC-00015578
Bryan, D. | 0001 | MTC-00020203
Bryan, Earlene | 0001 | MTC-00029090
Bryan, Greta | 0002 | MTC-00031436
Bryan, John | 0002 | MTC-00017445
Bryan, Tom | 0002 | MTC-00027380
Bryant, Barbara | 0001 | MTC-00010622
Bryant, Barbara | 0002 | MTC-00026855
Bryant, Bob | 0001 | MTC-00015059
Bryant, David | 0002 | MTC-00016662
Bryant, Doug | 0001 | MTC-00016751
Bryant, Ernest A. | 0001 | MTC-00002965
Bryant, George | 0001 | MTC-00012611
Bryant, Gerald W. | 0001 | MTC-00029451
Bryant, Greg | 0001 | MTC-00007534
Bryant, Harry | 0001 | MTC-00006484
Bryant, J. D. | 0001 | MTC-00020811
Bryant, Marc | 0001 | MTC-00004575
Bryant, Mark | 0001 | MTC-00003476
Bryant, Mike | 0001 | MTC-00006670
Bryant, Mike | 0002 | MTC-00017721
Bryant, Ralph | 0001 | MTC-00021602
Bryant, Richard | 0001 | MTC-00012874
Bryant, Susan | 0001 | MTC-00020969
Bryant, Virgie | 0001 | MTC-00029234
Bryant, Wayne | 0001 | MTC-00018505
Bryant, William | 0002 | MTC-00032464
Bryart, Steve | 0001 | MTC-00011911
Bryce, Tim | 0001 | MTC-00009788
Bryce, Tom | 0001 | MTC-00001736
Brykowski, Roman | 0001 | MTC-00031725
Bryld, Judy | 0001 | MTC-00025962
Bryld, Warren | 0001 | MTC-00012619
Brylow, Scott | 0002 | MTC-00026626
Bryon, Rigg | 0001 | MTC-00015665
Bryson, ALbert | 0001 | MTC-00029376
Bryson, James | 0001 | MTC-00000737
Bryson, Roger W. | 0001 | MTC-00026466
Bschoff, Kevin | 0001 | MTC-00009777
bsculp@juno.com | 0001 | MTC-00026012
bskoehler@bellsouth.net | 0001 | MTC-00010888
bstawink1@juno.com | 0001 | MTC-00010891
bsteele@citgo.com | 0001 | MTC-00012549
bsuttn | 0001 | MTC-00025170
Buangan, Mary Beth | 0002 | MTC-00028493
Bubala, Robert | 0001 | MTC-00012187
Bubanovich, Stephen | 0001 | MTC-00007192
bubbalaura@juno.com | 0001 | MTC-00011036
Bube, Virgil | 0001 | MTC-00004200
Bubenicek, Jason | 0001 | MTC-00004687
Buccheeer, Kwest | 0002 | MTC-00026574
Bucelato, John | 0001 | MTC-00007728
Bucha, A. | 0001 | MTC-00020923
Buchanan, Bryce and Diana | 0001 | MTC-00011879
Buchanan, Dwight N. | 0001 | MTC-00017718
Buchanan, Jerry | 0001 | MTC-00031228
Buchanan, Joseph F. | 0001 | MTC-00008241
Buchanan, Joseph F. | 0001 | MTC-00008258
Buchanan, Loren | 0002 | MTC-00003200
Buchanan, William | 0001 | MTC-00024465
Buchar, J. T. | 0002 | MTC-00029696
Buchar, J.T. | 0001 | MTC-00033862
Bucher, Chris | 0001 | MTC-00013326
Bucholz, Mark | 0001 | MTC-00013045
Buchta, Bernard | 0002 | MTC-00030010
Buchta, Bernard R. | 0002 | MTC-00028739
Buck, Joseph | 0002 | MTC-00002369
Buck, Joseph | 0003 | MTC-00003590
Buck, Joy | 0001 | MTC-00012010
Buck, Thomas | 0001 | MTC-00021100
buck@nfdc.net | 0001 | MTC-00011876
Bucke, Bob | 0001 | MTC-00023106
Buckelen, Bruce | 0015 | MTC-00024074
Buckles, Ray | 0002 | MTC-00025874
Buckley, Jeremiah | 0001 | MTC-00016453
Buckley, Kathy | 0001 | MTC-00033701
Buckley, Richard | 0001 | MTC-00009736
Buckley, Seth | 0001 | MTC-00017504
Buckley, Simon | 0001 | MTC-00015477
Buckley, Timothy | 0001 | MTC-00028782
Buckley, Timothy P. | 0001 | MTC-00031173
Buckley, Todd | 0002 | MTC-00029404
Buckley, William F. | 0001 | MTC-00003290
Buckman, Jan | 0001 | MTC-00023233
Bucko, Bill | 0001 | MTC-00014192
Buckowing, Sherry | 0001 | MTC-00000481
Buckstein, Steve | 0001 | MTC-00014392
buckyt@winjones co.com | 0001 | MTC-00014678
Buczek, Joe | 0002 | MTC-00000638
Buczek, Joe | 0003 | MTC-00022109
Budd, Paul | 0001 | MTC-00030019
Budd, Tracy | 0001 | MTC-00000826
Buddington, Eric | 0001 | MTC-00018287
Buddy578@juno.com | 0001 | MTC-00010445
budg3620@aol.com | 0001 | MTC-00014683
Budge, Allen N. | 0001 | MTC-00025858
Budhyarto, Budhy R. | 0001 | MTC-00002652
Budin, Nat | 0001 | MTC-00016203
Budne, Phil | 0001 | MTC-00019057
budspence1@juno.com | 0001 | MTC-00011127
Budukiewicz | 0001 | MTC-00005974
Budukiewicz, Fred | 0001 | MTC-00010881
Buecheler, Eric | 0001 | MTC-00006588
Buecheler, Kurt | 0002 | MTC-00005900
Buecheler, Kurt | 0001 | MTC-00030558
Buecheler, Lori | 0001 | MTC-00026579
Buecheler, Lori | 0001 | MTC-00030577
Buehler, Baba Z. | 0001 | MTC-00018576
Buell, Mark | 0001 | MTC-00002323
Buell, Mark | 0001 | MTC-00032352
Bueno, Ron | 0002 | MTC-00001580
Buermann, Josh | 0002 | MTC-00016896
Buesen, Don | 0001 | MTC-00007185
Buesin, Kyle | 0001 | MTC-00022203
Buezewski, Joseph | 0001 | MTC-00031262
Buffamonte, Steven | 0001 | MTC-00009454
Buffington, Joseph D. | 0001 | MTC-00020757
Buffmire, Judy Ann | 0002 | MTC-00030079
Buford, Rick | 0001 | MTC-00019097
Bugbee, Larry | 0001 | MTC-00028689
Bugnacki, Kevin | 0001 | MTC-00033802
Buhanan, Benjamin R. | 0001 | MTC-00009870
Buhler, Fred | 0002 | MTC-00031091
Buhtz, Greg | 0002 | MTC-00020242
Buice, Michael | 0001 | MTC-00018211
Bukowski, Joseph | 0001 | MTC-00031536
Bulbrook, Harry | 0001 | MTC-00017899
Buley, Trevor | 0001 | MTC-00019006
Bulk, Frank | 0001 | MTC-00002709
Bulkan, Jerome R. | 0001 | MTC-00024849
Bull, Bill | 0001 | MTC-00020586
Bullamore, Mary Ann | 0001 | MTC-00025182
Bullard, Anthony | 0002 | MTC-00014447
Bullard, Clifton | 0001 | MTC-00018422
Bullard, D. K. | 0001 | MTC-00005498
Bullard, David and Barbara | 0001 | MTC-00012692
Bullard, Kent | 0001 | MTC-00024137
Bullick, Carole M. | 0001 | MTC-00013566
Bullington-McGuire, Richard | 0001 | MTC-00016052
Bullock, Benjamin R. | 0002 | MTC-00031978
Bullock, Debi J. | 0001 | MTC-00002571
Bullock, Jim | 0003 | MTC-00017442
Bullock, John K. | 0001 | MTC-00019674
Bullock, Kevin | 0001 | MTC-00033539
Bullock, Kevin | 0001 | MTC-00027442
Bullock, Margaret | 0001 | MTC-00032774
Bullwinkel, Clay | 0002 | MTC-00009233
Bullwinkel, Steve | 0001 | MTC-00015103
Bulmer, Andrew | 0001 | MTC-00000749
Bultot, Roger | 0002 | MTC-00006393
Bumgardner, Larry | 0001 | MTC-00012765
Bumgardner, Steve | 0001 | MTC-00002608
Bumgardner, Steve | 0001 | MTC-00013738
Bunall, Adam | 0001 | MTC-00003760
Bunch, Philip | 0002 | MTC-00022987
Bunch, Randall | 0001 | MTC-00022066
Bund, Kenneth | 0001 | MTC-00012087
Bundo, Pablo EL Vaga | 0001 | MTC-00003815
Bungard, Harry E. | 0001 | MTC-00002042
Bungert, Daniel | 0001 | MTC-00023454
Bunk, Clara | 0001 | MTC-00014405
Bunker, Paul | 0001 | MTC-00013075
Bunn, Kent | 0001 | MTC-00017485
Bunn, W. E. | 0001 | MTC-00008113
Bunney, Rod | 0001 | MTC-00011357
Bunt, Eugene | 0001 | MTC-00026008
Bunting, Dave | 0001 | MTC-00000189
Bunton, Shon | 0002 | MTC-00027104
Buoussard, Missy | 0001 | MTC-00032076
Buoy, Chris | 0001 | MTC-00025849
Burbank, Harold H. | 0001 | MTC-00011000
Burbeck, Steve | 0002 | MTC-00021726
Burch, George | 0001 | MTC-00011582
Burch, Jay | 0001 | MTC-00008876
Burcham, Robert | 0001 | MTC-00004680
Burchett, Kimberley | 0002 | MTC-00018781
Burchman, Robert | 0001 | MTC-00016885
Burd, Erik | 0002 | MTC-00016952
Burd, Noreen | 0002 | MTC-00008928
Burden, Douglas | 0001 | MTC-00006114
Burden, Richard | 0001 | MTC-00003404
Burdett, Larado | 0002 | MTC-00026316
Burdice, Frank | 0001 | MTC-00025472
Bures, George | 0001 | MTC-00008875
Burg, Richard W. | 0001 | MTC-00008237
Burgamy, Barry | 0001 | MTC-00024262
Burgan Kevin | 0001 | MTC-00027767
Burgardt, Susan | 0001 | MTC-00020726
Burgdoff, Barbara | 0001 | MTC-00020671
Burger, Chuck | 0001 | MTC-00004294
Burger, Earle | 0001 | MTC-00007327
Burger, Jeffrey | 0001 | MTC-00010741
Burger, Jerry | 0001 | MTC-00010831
Burger, Olga | 0001 | MTC-00015857
Burger, Robert | 0001 | MTC-00029870
Burgess, Andrew | 0001 | MTC-00003615
Burgess, Bruce | 0001 | MTC-00014075
Burgess, Chester | 0001 | MTC-00007969
Burgess, Craig | 0002 | MTC-00018348
Burgess, David | 0004 | MTC-00033588
Burgess, Eric | 0001 | MTC-00015869
Burgess, Harold | 0001 | MTC-00019880
Burgess, John | 0001 | MTC-00027758
Burgess, Richard | 0001 | MTC-00023634
Burgess, Ted | 0001 | MTC-00009552
Burgin, Dan | 0002 | MTC-00026655
Burgjohann, Kevin | 0001 | MTC-00019931
Burgoyne, Andrew | 0001 | MTC-00003543
Burich, Alice | 0002 | MTC-00033067
Burik, John | 0001 | MTC-00003137
Burk, Fred | 0001 | MTC-00025938
Burk, Phil | 0001 | MTC-00022621
Burk, Richard | 0002 | MTC-00016817
Burka, Lauren P. | 0001 | MTC-00025235
Burkard, Trent | 0002 | MTC-00000948
Burkart, Charles | 0001 | MTC-00032601
Burke, Andrew | 0001 | MTC-00018087
Burke, Brian | 0001 | MTC-00006129
Burke, Gem | 0002 | MTC-00012768
Burke, Gem | 0003 | MTC-00032805
Burke, George | 0001 | MTC-00001166
Burke, Greg | 0001 | MTC-00020803
Burke, James | 0001 | MTC-00024077
Burke, Jim | 0001 | MTC-00003961
Burke, Jim | 0001 | MTC-00009119
Burke, John | 0001 | MTC-00029573
Burke, Kahli R. | 0002 | MTC-00017614
Burke, Matt | 0001 | MTC-00015120
Burke, matthew M. | 0002 | MTC-00024360
Burke, Michael | 0002 | MTC-00032482
Burke, Patricia | 0001 | MTC-00009377
Burke, Patrick J. | 0001 | MTC-00001024
Burke, Paul | 0001 | MTC-00011835
Burke, Richard | 0002 | MTC-00032274
Burke, Robert | 0002 | MTC-00023237
Burke, Ron | 0006 | MTC-00005323
Burke, Ruth | 0001 | MTC-00030630
Burke, Sean | 0001 | MTC-00016951
Burkeland, Paul | 0001 | MTC-00004508
Burkert, Lisa | 0001 | MTC-00031504
Burkett, Larry | 0001 | MTC-00009438
Burkett, Steve; Jen | 0001 | MTC-00000193
Burkhalter, Gerald | 0001 | MTC-00031308
Burkhard, John | 0001 | MTC-00017079
Burkhardt, Joseph | 0001 | MTC-00027049
Burkhart, Alex | 0001 | MTC-00009484
Burkholder, Peter | 0002 | MTC-00014750
Burkholder, Ward J. | 0001 | MTC-00010063
Burkland, Christopher | 0001 | MTC-00023482
Burks, Doug | 0001 | MTC-00015733
Burksdale, Edwin | 0001 | MTC-00029728
Burland, Brad | 0001 | MTC-00003991
Burleigh, Jack | 0001 | MTC-00008037
Burley | 0001 | MTC-00013193
Burling, Daniel | 0001 | MTC-00030228
Burlingame, Jack | 0001 | MTC-00028829
Burlison, Donald | 0001 | MTC-00030837
Burlison, Donald | 0001 | MTC-00033852
Burmeister, Frances A. | 0001 | MTC-00025135
Burnaman, Bruce D. | 0001 | MTC-00017515
Burnell, Jeff | 0001 | MTC-00024406
Burnes, Harvey | 0001 | MTC-00030233
Burnett, Jim | 0001 | MTC-00014998
Burnett, Marr Michael | 0001 | MTC-00017344
Burnett, Terry | 0001 | MTC-00009666
Burnette, Don | 0001 | MTC-00020647
Burnfield, Keran | 0001 | MTC-00016797
Burnop, George | 0001 | MTC-00031331
Burns, Billie | 0001 | MTC-00009512
Burns, Brenna | 0001 | MTC-00023029
Burns, Eric and Michele | 0001 | MTC-00012669
Burns, Jack | 0002 | MTC-00004512
Burns, Jared | 0001 | MTC-00015238
Burns, John E. | 0001 | MTC-00011464
Burns, Kenneth | 0001 | MTC-00013671
Burns, Robert | 0001 | MTC-00008649
Burns, Robert | 0002 | MTC-00030274
Burns, Scott | 0001 | MTC-00021735
Burns, Steve | 0001 | MTC-00020008
Burnsed, Harold L. | 0001 | MTC-00026682
Burnstein, Dan | 0001 | MTC-00000411
Burokas, Anthony | 0001 | MTC-00001206
Burpee, Charles | 0001 | MTC-00032973
Burr, Chuck | 0001 | MTC-00010289
Burr, David | 0001 | MTC-00027096
Burr, Helmut | 0002 | MTC-00026637
Burrell, Nelson | 0001 | MTC-00025238
Burress, Bob | 0001 | MTC-00008226
Burri, Helmut | 0001 | MTC-00026640
Burri, Helmut Kurt | 0001 | MTC-00000407
Burrill, Adam | 0002 | MTC-00020354
Burrington, Brian | 0002 | MTC-00017136
Burris, Fred | 0001 | MTC-00030132
Burris, Stanley | 0001 | MTC-00012220
Burris, Tom | 0001 | MTC-00032786
Burroughs, David | 0001 | MTC-00030105
Burroughs, Josh | 0001 | MTC-00018002
Burrous, Rocky C. | 0001 | MTC-00009217
Burroway, John | 0001 | MTC-00015813
Burrows, Ben | 0001 | MTC-00025613
Burrus, Fletcher and Jerry | 0001 | MTC-00007200
Burson, Jesse | 0002 | MTC-00015566
Burstein, Elizabeth | 0001 | MTC-00027564
Burstyn, Harold | 0001 | MTC-00011262
Burt, Gabe | 0001 | MTC-00003650
Burt, Gary | 0001 | MTC-00003582
Burt, Jack | 0002 | MTC-00031466
Burt, Kenneth | 0001 | MTC-00025153
Burtch-Farrell, Evangeline | 0001 | MTC-00008563
Burton, Aaron | 0001 | MTC-00002221
Burton, Brian | 0002 | MTC-00000262
Burton, Brian | 0002 | MTC-00004382
Burton, Brian | 0002 | MTC-00004828
Burton, Brian R. | 0001 | MTC-00001640
Burton, Britt D. | 0001 | MTC-00000457
Burton, Diana | 0001 | MTC-00008804
Burton, Gigi | 0001 | MTC-00028444
Burton, Harvey | 0001 | MTC-00017316
Burton, Joshua W. | 0001 | MTC-00015300
Burton, Larry | 0001 | MTC-00005050
Burton, Larry D. | 0001 | MTC-00002054
Burton, Tony | 0001 | MTC-00003414
Burwell, J. Ross | 0001 | MTC-00019468
Burwell, Nancy | 0001 | MTC-00013655
Burwood, Werner | 0001 | MTC-00019489
Bury, Christine | 0001 | MTC-00031396
Busboom, Eric | 0001 | MTC-00016214
Busby, Damian | 0001 | MTC-00024206
Busby, Eric | 0001 | MTC-00025124
Busby, Lee | 0001 | MTC-00023745
Busby, Lee E. | 0002 | MTC-00032012
Busby, Scott | 0001 | MTC-00019923
Buscaglia, Robert | 0001 | MTC-00026798
Busch, W. | 0001 | MTC-00027216
Bush, Bambi | 0002 | MTC-00033638
Bush, John | 0001 | MTC-00022981
Bush, Justin | 0001 | MTC-00003033
Bush, Marilyn | 0001 | MTC-00022291
Bush, Mary | 0001 | MTC-00009618
Bush, Mike | 0001 | MTC-00015502
Bush, Robert | 0002 | MTC-00033637
Bush, Ronald J. | 0001 | MTC-00007709
Bush, Wade | 0001 | MTC-00009448
Bushee, J. W. | 0001 | MTC-00009156
Bushee, James W. | 0001 | MTC-00030802
Bushman, Richard | 0001 | MTC-00024637
Bushman, Robert | 0001 | MTC-00015482
Bushnell, David | 0002 | MTC-00019928
Bushnell, Fred | 0001 | MTC-00007552
Bushnell, Ken | 0001 | MTC-00002813
Buskey, Tom | 0001 | MTC-00015263
Buss, Bob | 0001 | MTC-00005438
Buss, Carol and Dennis | 0002 | MTC-00030652
Buss, Jim an dMArian | 0001 | MTC-00025232
Busta, Paul R. | 0001 | MTC-00022788
Bustamante, Jose | 0003 | MTC-00029430
Buswinka, Helen | 0001 | MTC-00030157
Butash, Frank | 0001 | MTC-00021723
Butash, Frank | 0001 | MTC-00021718
Butcher, Ken | 0001 | MTC-00001697
Butcher, M. | 0001 | MTC-00022505
Butcher, Peter W. | 0001 | MTC-00023098
Buterbaugh, Kevin | 0002 | MTC-00005060
Butkovich, Rose | 0001 | MTC-00009205
Butler, Benny | 0002 | MTC-00003754
Butler, Brandon | 0001 | MTC-00015897
Butler, Charlie | 0001 | MTC-00029936
Butler, Clyde W. | 0001 | MTC-00007742
Butler, Clyde W. | 0001 | MTC-00025365
Butler, Craig | 0001 | MTC-00008542
Butler, Daman | 0002 | MTC-00014623
Butler, David | 0001 | MTC-00013761
Butler, Ed | 0001 | MTC-00006814
Butler, Jeremy | 0001 | MTC-00010064
Butler, Jimm | 0001 | MTC-00011564
Butler, John | 0001 | MTC-00021384
Butler, John | 0001 | MTC-00021373
Butler, Ken | 0001 | MTC-00002815
Butler, Kevin | 0001 | MTC-00017176
Butler, Kevin | 0001 | MTC-00016409
Butler, Larry | 0001 | MTC-00007098
Butler, Matt | 0001 | MTC-00017566
Butler, Patsy Henry | 0001 | MTC-00030847
Butler, R. M. | 0001 | MTC-00008799
Butler, Ralph | 0001 | MTC-00000949
Butler, Ronja | 0001 | MTC-00023654
Butler, Samuel | 0001 | MTC-00032728
Butler, Sarah | 0001 | MTC-00026046
Butler, Stephen | 0001 | MTC-00012921
Butler, Sylvia Bailey | 0001 | MTC-00026705
Butler, Tani | 0001 | MTC-00027374
Butler, Timothy R. | 0002 | MTC-00000982
Butler, Travis | 0002 | MTC-00014632
Butler, William | 0001 | MTC-00012379
Butler-Lee, Sean | 0001 | MTC-00006581
Butlery, George | 0001 | MTC-00032875
Butner, Lynn | 0001 | MTC-00032980
Buttars, Jeff | 0001 | MTC-00018302
Buttarsi, D. Chris | 0001 | MTC-00014360
Butte, Brian | 0002 | MTC-00000909
Buttel, John | 0001 | MTC-00007680
Butter, Mario | 0001 | MTC-00026792
Butter, Robert L. | 0002 | MTC-00028045
Butterfield, Geoff | 0001 | MTC-00016901
Butterfield, Tim | 0001 | MTC-00017069
Butterworth, Herb | 0001 | MTC-00012541
Butto, Don | 0001 | MTC-00003001
Button, James | 0002 | MTC-00005232
Button, Robert M. | 0001 | MTC-00024909
buttons | 0001 | MTC-00025181
Butts, Bruce | 0001 | MTC-00032905
Butts, Carter | 0002 | MTC-00018206
Butts, David | 0001 | MTC-00012991
Butzen, Fred | 0004 | MTC-00004969
Buvinghausen, Lori | 0001 | MTC-00020260
Buxton, Bill | 0001 | MTC-00010832
Buxton, Chris | 0001 | MTC-00013403
Buzbee, Charles | 0001 | MTC-00029000
Buzzanco, James | 0002 | MTC-00008153
Buzzini, Blake | 0001 | MTC-00004549
Buzzini, Blake | 0001 | MTC-00008152
bwebs@attglobal.net | 0001 | MTC-00017285
bweidler | 0001 | MTC-00009193
bwhellock@adelphlabusiness.net | 0001 | MTC-00014324
Bybee, James | 0001 | MTC-00012622
Byde, Jennifer | 0001 | MTC-00030096
Byer, Mike | 0001 | MTC-00030360
Byerly, De | 0002 | MTC-00031168
Byerly, Elizabeth | 0001 | MTC-00018552
Byerly, Greg | 0001 | MTC-00002421
byers, Ian | 0001 | MTC-00018919
Byers, Tom | 0001 | MTC-00013355
Byford, F. M. | 0001 | MTC-00009387
Bykowski, Raymond | 0002 | MTC-00032278
Byles, Nancy | 0001 | MTC-00026329
Bylington, Gary | 0001 | MTC-00029500
Byll-Paul, Evelyne N. | 0001 | MTC-00029755
Byne, Harmon | 0001 | MTC-00026419
byne@home.com | 0001 | MTC-00028141
Byng-Clark, Adrian | 0002 | MTC-00004988
Byng-Clarke, Adrian | 0003 | MTC-00004089
Byrd, Betsy | 0001 | MTC-00016855
Byrd, Brendan | 0001 | MTC-00016663
Byrd, Don | 0001 | MTC-00020947
Byrd, Eric | 0001 | MTC-00017881
Byrd, Frank | 0001 | MTC-00009031
Byrd, Kelly | 0001 | MTC-00016358
Byrkit, George | 0001 | MTC-00005260
Byrne, Sam | 0001 | MTC-00017709
Byrne, Tom | 0002 | MTC-00006026
Byrns, Jason | 0001 | MTC-00018834
Byrns, Mike | 0001 | MTC-00028004
Byrom, Bill | 0001 | MTC-00018724
BZDZ2@aol.com | 0001 | MTC-00007528
C, James | 0001 | MTC-00000804
C, Jan | 0001 | MTC-00007558
C., Jeff | 0001 | MTC-00016103
C., Miles | 0002 | MTC-00028439
C., Wade | 0001 | MTC-00021825
c777leo@inetmail-att.net | 0001 | MTC-00000991
Ca;enda, Frank | 0001 | MTC-00024553
Cabins519@cs.com | 0001 | MTC-00009557
Cabins519@cs.com | 0001 | MTC-00013941
Cable, Alice | 0002 | MTC-00012656
Cable, Chuck | 0001 | MTC-00007614
Cable, Gary | 0001 | MTC-00003520
Cabrera, Joe | 0001 | MTC-00013163
Cacas, Caroline | 0001 | MTC-00005522
Caccamise, William | 0001 | MTC-00007744
Cacciato, Richard | 0001 | MTC-00021848
Caceres, Candido | 0001 | MTC-00002951
Cachelin, Arnie | 0001 | MTC-00000116
Cacioppi, Peter J. | 0004 | MTC-00012815
Caddell, Jeffrey L. | 0001 | MTC-00002471
Cadematori, K. | 0001 | MTC-00007693
Cadle, Larry S. | 0001 | MTC-00008787
Cadsan, Richard L. | 0002 | MTC-00029462
Cady, Bobbi | 0001 | MTC-00028878
Caezar5 | 0001 | MTC-00004677
Caffarella, Rocky | 0001 | MTC-00026780
Cagazzola38@cs.com | 0001 | MTC-00013107
Cage, Russell | 0002 | MTC-00004539
Cage, Russell | 0001 | MTC-00030692
Caghan, Susan | 0002 | MTC-00027884
Cagle, Phil | 0001 | MTC-00026142
Cahall, Robert | 0001 | MTC-00008027
Cahill, Katherine | 0003 | MTC-00029247
Cahill, Kevin | 0002 | MTC-00002119
Cahill, Lisa | 0001 | MTC-00012234
Cahill, Yvonne | 0001 | MTC-00031126
Caicedo, Margarita | 0002 | MTC-00030197
Caigoy, Laura A. | 0001 | MTC-00029096
Cailor, Joyce | 0001 | MTC-00030835
Cain, Michael E. | 0001 | MTC-00003860
Cain, Steve | 0001 | MTC-00026586
Cairns, Gerry | 0002 | MTC-00033458
Caissie, Leo | 0002 | MTC-00033051
Caissie, Leo | 0002 | MTC-00033653
cajowomk@cox-intrtnet.com | 0001 | MTC-00015950
Cake, Arsenio | 0001 | MTC-00012142
Calabrese, Diane | 0001 | MTC-00021800
Calabria, Raffaella | 0001 | MTC-00022574
Calandrino, Stephen | 0002 | MTC-00028320
Calapai, A. | 0002 | MTC-00010536
Calapai, Andrew | 0003 | MTC-00029377
Calbertson, Thomas W. | 0001 | MTC-00008145
calde@charter.net | 0001 | MTC-00017436
Calder, Madeleine | 0001 | MTC-00032672
Calder, Ryan | 0002 | MTC-00015914
Calderazzo, Dominick | 0001 | MTC-00031282
Calderone, Joe | 0001 | MTC-00005620
Caldwell, Brad | 0001 | MTC-00002078
Caldwell, Christopher | 0002 | MTC-00019591
Caldwell, David | 0001 | MTC-00017346
Caldwell, David | 0001 | MTC-00021507
Caldwell, Jeff | 0003 | MTC-00016136
Caldwell, Jim | 0001 | MTC-00014165
Caldwell, Kack | 0001 | MTC-00017846
Caldwell, Kathy | 0001 | MTC-00000376
Caldwell, Kevin | 0001 | MTC-00016406
Caldwell, Kimberly | 0001 | MTC-00021819
Caldwell, Russell | 0001 | MTC-00009027
Caldwell, Theodore E. | 0001 | MTC-00011865
Calegari, Danny | 0001 | MTC-00017072
Calenda, Frank | 0001 | MTC-00024560
Calese, Patricia | 0001 | MTC-00020828
Caless, Daniel E. | 0002 | MTC-00022199
calexander1@satx.rr.com | 0001 | MTC-00017246
Calhoun, Jefe | 0001 | MTC-00003363
Calhoun, Robert | 0006 | MTC-00025038
Calia, Maryann | 0002 | MTC-00024960
Calitri, Joseph | 0001 | MTC-00021361
Call, Brandon | 0001 | MTC-00003187
Call, Jonathan | 0001 | MTC-00015997
Callahan Jr., Vincent F. | 0002 | MTC-00031174
Callahan, James B. | 0001 | MTC-00029197
Callahan, Brooke | 0001 | MTC-00017133
Callahan, John R. | 0001 | MTC-00028251
Callahan, Sean | 0001 | MTC-00011603
Callahan, Sean | 0001 | MTC-00006668
Callas, Jon | 0001 | MTC-00002235
Callaway, Charles | 0002 | MTC-00015260
Callaway, John | 0002 | MTC-00019414
Callaway, Tom | 0001 | MTC-00017598
Calle, Arsenio | 0001 | MTC-00025308
Calle, Diego | 0001 | MTC-00020105
Calle, Juan D. | 0002 | MTC-00029734
Calle, Olivier | 0001 | MTC-00027528
Calle, Olivier | 0002 | MTC-00033569
Callen, Jerry | 0002 | MTC-00000204
Callewaert, Jonas | 0001 | MTC-00022878
Callum, Ian | 0001 | MTC-00015504
Calmes, Robert E. (Dr. and Mrs.) | 0001 | MTC-00029513
Calnan, Bob | 0001 | MTC-00025507
Caloz, Tom | 0001 | MTC-00004873
Calton, Nicholas | 0002 | MTC-00018100
Calvert, Chris | 0001 | MTC-00013123
Calvert, Jane and Earnest | 0001 | MTC-00009378
Calvin, Richard | 0001 | MTC-00030124
Calvo, Alex | 0001 | MTC-00014215
Cambra, John | 0001 | MTC-00020988
cambre, Donnie | 0001 | MTC-00015883
Cambron, Chris | 0001 | MTC-00003261
Cameron, Ian | 0001 | MTC-00019974
Cameron, Jonathan | 0001 | MTC-00018838
Cameron, Jonathan | 0001 | MTC-00021523
Cameron, Philip | 0002 | MTC-00019093
Cameron, Willaim | 0001 | MTC-00021806
Cameron, William | 0001 | MTC-00019025
camfam99@juno.com | 0001 | MTC-00010477
Camicia, Harold P. | 0001 | MTC-00012126
Camillo, Tomas Franklin | 0001 | MTC-00031446
Campa, Darwin | 0001 | MTC-00013393
Campagna, Tim | 0001 | MTC-00004401
Campanella, Angelo | 0002 | MTC-00009351
Campbell, Alan | 0001 | MTC-00027050
Campbell, Anthony | 0001 | MTC-00026401
Campbell, arlter | 0001 | MTC-00028969
Campbell, Beldon | 0001 | MTC-00022165
Campbell, Brian | 0001 | MTC-00018775
Campbell, Bruce | 0001 | MTC-00020134
Campbell, Bruce A. | 0001 | MTC-00011172
Campbell, Bryan | 0012 | MTC-00027871
Campbell, Chuck | 0001 | MTC-00013476
Campbell, Craig | 0001 | MTC-00024408
Campbell, Dave | 0001 | MTC-00017949
Campbell, Diana | 0002 | MTC-00030587
Campbell, Diana | 0001 | MTC-00030586
Campbell, Dick A. | 0001 | MTC-00010423
Campbell, Dick A. | 0001 | MTC-00024249
Campbell, Don | 0001 | MTC-00027878
Campbell, Don | 0001 | MTC-00009504
Campbell, Donald | 0001 | MTC-00012953
Campbell, Doug | 0001 | MTC-00005345
Campbell, James J. | 0001 | MTC-00029711
Campbell, Jason | 0002 | MTC-00020328
Campbell, Jeb | 0002 | MTC-00003713
Campbell, Jeb | 0001 | MTC-00016966
Campbell, Jefferson | 0001 | MTC-00013699
Campbell, Joe | 0001 | MTC-00003702
Campbell, John | 0001 | MTC-00027742
Campbell, John | 0001 | MTC-00012101
Campbell, kay | 0001 | MTC-00022813
Campbell, Kent | 0001 | MTC-00031669
Campbell, Kevin | 0001 | MTC-00029237
Campbell, Krenson | 0003 | MTC-00001389
Campbell, Larry | 0003 | MTC-00014382
Campbell, Linda | 0001 | MTC-00012500
Campbell, Marc | 0001 | MTC-00019060
Campbell, Patrick | 0001 | MTC-00025050
Campbell, Paul | 0001 | MTC-00022445
Campbell, Peter F. | 0001 | MTC-00013575
Campbell, Rachel (Dave) | 0001 | MTC-00000619
Campbell, Ralph | 0001 | MTC-00003381
Campbell, Randall | 0001 | MTC-00023608
Campbell, Sally | 0001 | MTC-00024418
Campbell, Shawn | 0001 | MTC-00015894
Campbell, Stephen | 0001 | MTC-00005921
Campbell, W. Ryan Jr. | 0001 | MTC-00022064
Campbell, William | 0001 | MTC-00013736
Campisi, John | 0001 | MTC-00023901
Campisi, John | 0001 | MTC-00033391
Campos, Joe R. | 0001 | MTC-00030897
Canaday, Bill | 0002 | MTC-00005019
Canaday, Glen | 0001 | MTC-00019065
Canaday, William | 0002 | MTC-00003743
Canady, DeArmand | 0001 | MTC-00014622
Canann, Alyssa | 0001 | MTC-00025005
Cancel, Carmen A. | 0001 | MTC-00011389
Cancro, Art | 0001 | MTC-00015474
Candan, Charlie | 0001 | MTC-00031476
Candell, Eric | 0001 | MTC-00009174
Cander, Daniel | 0001 | MTC-00016810
Canfield, Stella | 0001 | MTC-00010653
Canfield, Thomas | 0002 | MTC-00028039
Canin, Brian | 0005 | MTC-00003564
Canin, Jason | 0001 | MTC-00021021
Cann, Damon | 0001 | MTC-00027696
Cann, Danae | 0002 | MTC-00026402
Cann, WEston | 0003 | MTC-00025300
Cannefax, Raymond | 0002 | MTC-00006942
Canning, Anne | 0001 | MTC-00027342
Cannon, Dan | 0001 | MTC-00007856
Cannon, Dan | 0002 | MTC-00004598
Cannon, Dave | 0001 | MTC-00007416
Cannon, Dave | 0001 | MTC-00011675
Cannon, George | 0001 | MTC-00005034
Cannon, Matthew | 0001 | MTC-00002745
Cannon, Russ | 0001 | MTC-00012420
Cannon, Steve | 0001 | MTC-00018315
Cano, Orlando | 0002 | MTC-00022522
Canon, Joseph A. | 0002 | MTC-00031052
Canosella, John | 0001 | MTC-00001283
Cantey, John M. | 0001 | MTC-00007344
Cantey, John M. | 0001 | MTC-00013601
Cantiani, Paul | 0001 | MTC-00031276
Cantley, Harold | 0001 | MTC-00012210
Cantley, Harold | 0001 | MTC-00009406
Cantrell, Paul | 0001 | MTC-00028262
Cantwell, Jerry | 0001 | MTC-00017684
Cantwell, Ray | 0001 | MTC-00026197
Cantwell, Robert | 0002 | MTC-00015811
Cap, Paul and Carolyn | 0001 | MTC-00025820
Cape, Jerry and Nancy | 0001 | MTC-00011005
Capehart, Michael | 0001 | MTC-00027490
Capehart, Michael | 0001 | MTC-00033557
Capel, Sarah | 0001 | MTC-00030219
Capella, William | 0001 | MTC-00010768
Caplan, Charles H. | 0001 | MTC-00007652
Caplan, Philip | 0001 | MTC-00001184
Caple, Paul | 0001 | MTC-00032691
Capoeman, Ben | 0001 | MTC-00018596
Capone, Anthony | 0001 | MTC-00031742
Capone, Joseph M. | 0001 | MTC-00031042
Capone, Vin | 0001 | MTC-00024013
Capozzi, Michael | 0001 | MTC-00024105
Capp, Jim | 0001 | MTC-00023658
Cappielo, Patricia | 0001 | MTC-00009175
Cappola, Peter | 0001 | MTC-00009775
Capps, Gary | 0001 | MTC-00015410
Capps, Katie | 0001 | MTC-00028957
Capps, Philip | 0002 | MTC-00032336
Capps, Steve and Linnea | 0002 | MTC-00030474
Caprioli, Paul | 0001 | MTC-00026306
Captain | 0001 | MTC-00022253
Capurro, Wayne | 0001 | MTC-00010033
Caputo, Vincent | 0002 | MTC-00027688
Caracostas, Mavis M. | 0001 | MTC-00009921
Caraglior, Cheryl | 0001 | MTC-00009391
Carapetyan, Pete | 0001 | MTC-00010644
Carberry, Bridget | 0006 | MTC-00014487
Carberry, Reve | 0001 | MTC-00008133
Carbliss, R. J. | 0001 | MTC-00014723
Carbott, Chris | 0001 | MTC-00008408
Cardena, Victor | 0001 | MTC-00019015
Carder, Rita | 0001 | MTC-00028676
Cardillo, Americo | 0001 | MTC-00028321
Cardiodude@aol.com | 0001 | MTC-00032370
Cardona, Julio | 0001 | MTC-00001766
Cardona, Julio | 0001 | MTC-00013677
cardude5@juno.com | 0001 | MTC-00010460
Cardwell, Robert | 0001 | MTC-00020220
Cardwell, Steve | 0001 | MTC-00021073
Carel, David | 0001 | MTC-00014070
Carey, Adrian D. | 0001 | MTC-00025526
Carey, Barbara | 0001 | MTC-00023431
Carey, Bryce | 0001 | MTC-00028322
Carey, John | 0001 | MTC-00030380
Carey, John | 0002 | MTC-00026394
Carey, John L. & Patricia A. | 0002 | MTC-00008138
Carey, Kathleen | 0001 | MTC-00026556
Carey, Raymond A. | 0001 | MTC-00006317
Carey, Thomas A. | 0001 | MTC-00017530
Carey, Tim | 0001 | MTC-00007681
Cargod01 | 0001 | MTC-00012509
Carhart, Tom and Betty | 0001 | MTC-00008295
Carim, Hatim | 0001 | MTC-00006258
Carimer, Alan F. | 0001 | MTC-00015091
Carl, Emily | 0001 | MTC-00019835
Carl, Steve | 0001 | MTC-00003061
carlclifton@hotmail.com | 0001 | MTC-00016046
Carle, Henry and Arlene | 0002 | MTC-00032334
Carlen, Ronald | 0002 | MTC-00033448
Carleton, Jim | 0002 | MTC-00030505
Carlevato, Christopher L. | 0001 | MTC-00019660
Carlin, Bob | 0002 | MTC-00022179
Carlin, Chris | 0001 | MTC-00020376
Carling, M. | 0001 | MTC-00016143
Carlisle, Carol | 0001 | MTC-00032938
Carlsen, Carl | 0001 | MTC-00024959
Carlsen, Jorgen | 0001 | MTC-00018577
Carlson, Aletha | 0001 | MTC-00026781
Carlson, Bill | 0001 | MTC-00030464
Carlson, Bonnie | 0001 | MTC-00012368
Carlson, Carl J. | 0001 | MTC-00030394
Carlson, Christopher | 0001 | MTC-00018713
Carlson, Dale | 0001 | MTC-00016545
Carlson, David | 0001 | MTC-00010237
Carlson, David J. | 0001 | MTC-00002091
Carlson, Don | 0001 | MTC-00028411
Carlson, Don | 0001 | MTC-00005606
Carlson, Eric | 0001 | MTC-00016002
Carlson, Evald | 0002 | MTC-00033317
Carlson, Jeffrey | 0001 | MTC-00021592
Carlson, Joel | 0001 | MTC-00009942
Carlson, John L. | 0001 | MTC-00014449
Carlson, Juane | 0002 | MTC-00033055
Carlson, Pat and Fred | 0001 | MTC-00008994
Carlson, Pat and Fred | 0001 | MTC-00032390
Carlson, Richard | 0001 | MTC-00029047
Carlson, Richard | 0001 | MTC-00025854
Carlson, Richard L. | 0001 | MTC-00006976
Carlson, Robert | 0003 | MTC-00010710
Carlson, Robert | 0001 | MTC-00008449
Carlson, Ron | 0001 | MTC-00001242
Carlson, Steve | 0001 | MTC-00021721
Carlson, Syd and Mary | 0001 | MTC-00000360
Carlson, Tim | 0001 | MTC-00010225
Carlson, Trevor | 0001 | MTC-00030699
Carlton, Dana Alan | 0001 | MTC-00014040
Carlton, Phil | 0001 | MTC-00033844
Carlton, Roy | 0001 | MTC-00005707
Carman, Chris | 0001 | MTC-00028732
Carman, Chris | 0002 | MTC-00028718
Carman, Doug | 0001 | MTC-00002707
Carmichael, Curtis | 0001 | MTC-00003552
Carmody, Edward | 0001 | MTC-00032987
Carmody, Victor and Marjorie | 0001 | MTC-00026288
Carnagey, Pete | 0001 | MTC-00025977
Carnaghi, John | 0001 | MTC-00033012
Carneck, Al | 0001 | MTC-00020742
Carnell, Jeff | 0001 | MTC-00018768
Carnes, Patrick | 0001 | MTC-00011808
Carnes, Patrick | 0001 | MTC-00006630
Carnese, Dan | 0001 | MTC-00027511
Carney, J.C. | 0001 | MTC-00023493
Carney, John | 0001 | MTC-00000870
Carney, Lauren | 0001 | MTC-00030347
Carney, Lauren | 0001 | MTC-00033847
Carney, Paul | 0001 | MTC-00026712
Carney, Wendy | 0001 | MTC-00024383
Carnick, John | 0001 | MTC-00008592
Carns, Ronald | 0001 | MTC-00011008
carnult1965@juno.com | 0001 | MTC-00010875
carol1335@aol.com | 0001 | MTC-00028129
carollia@juno.com | 0001 | MTC-00028226
carolnbruce@hotmail.com | 0001 | MTC-00028088
Caron, Martin | 0001 | MTC-00000634
Caron, Martin | 0001 | MTC-00008948
Carothers, John | 0001 | MTC-00025052
Carpenter, Andrew | 0001 | MTC-00019329
Carpenter, Andrew | 0001 | MTC-00020124
Carpenter, Bonnie | 0001 | MTC-00031204
Carpenter, Bryan | 0002 | MTC-00016078
Carpenter, Craig | 0001 | MTC-00004171
Carpenter, Dave | 0001 | MTC-00007980
Carpenter, Ernest | 0001 | MTC-00032035
Carpenter, James | 0002 | MTC-00032300
Carpenter, James | 0002 | MTC-00032485
Carpenter, John | 0001 | MTC-00012906
Carpenter, Matthews | 0002 | MTC-00017166
Carpenter, Randy | 0001 | MTC-00015933
Carpenter, Rodger and Carol | 0002 | MTC-00029941
Carr, Alice | 0001 | MTC-00023319
Carr, Christopher | 0001 | MTC-00014235
Carr, David | 0001 | MTC-00011827
Carr, James | 0001 | MTC-00005467
Carr, Jeremy | 0001 | MTC-00005172
Carr, Joel | 0001 | MTC-00017473
Carr, Lisa | 0001 | MTC-00016069
Carr, Peter | 0001 | MTC-00023322
Carr, Richard W. | 0001 | MTC-00025544
Carr, Richard W. | 0001 | MTC-00007444
Carr, Richard W. | 0001 | MTC-00012054
Carr, Steve | 0002 | MTC-00026180
Carr, Thomas W. | 0001 | MTC-00004464
Carr, Tom | 0001 | MTC-00001496
Carran, A. | 0001 | MTC-00001152
Carrara, Mark | 0001 | MTC-00004744
Carrarie, Robert | 0001 | MTC-00002620
Carraway, Devin | 0002 | MTC-00017507
Carreiro, Frank | 0002 | MTC-00004718
Carreiro, Jason | 0001 | MTC-00011052
Carrera, Daniel | 0003 | MTC-00004164
Carretta, Danny A. | 0001 | MTC-00031975
Carrick, Peggy Ann | 0001 | MTC-00029199
Carrico, Marlene | 0001 | MTC-00020238
Carrier, Joseph | 0001 | MTC-00013983
Carrier, Joseph | 0001 | MTC-00020519
Carrier, Kathryn J. | 0001 | MTC-00010955
Carrier, L. E. | 0001 | MTC-00023386
Carrigan, Dan | 0001 | MTC-00003639
Carrigan, Dan | 0001 | MTC-00014942
Carrin, Robert G. | 0001 | MTC-00008102
Carrington, Dan | 0003 | MTC-00028518
Carrington, Leon | 0004 | MTC-00033853
Carrington, Leon H. | 0005 | MTC-00028539
Carrol, James | 0001 | MTC-00020751
Carroll, Ben | 0002 | MTC-00001500
Carroll, Christopher | 0001 | MTC-00024884
Carroll, Jack | 0005 | MTC-00002747
Carroll, Jack | 0005 | MTC-00008557
Carroll, Joe | 0001 | MTC-00025978
Carroll, John | 0002 | MTC-00033477
Carroll, Kari | 0001 | MTC-00013880
Carroll, Paul | 0001 | MTC-00001576
Carroll, Sarah | 0001 | MTC-00029263
Carroll, Thomas | 0002 | MTC-00029919
Carroll, Tini | 0001 | MTC-00001708
Carroll, Tini | 0001 | MTC-00001710
Carruth, Rusty | 0002 | MTC-00025074
Carruthers, Wayne | 0002 | MTC-00009867
Carruthers, Wayne | 0002 | MTC-00032513
Carsey, Diana | 0001 | MTC-00025893
Carson, Clay | 0001 | MTC-00001171
Carson, David | 0001 | MTC-00009986
Carswell, R. J. | 0001 | MTC-00001749
Cartagina, Norbert | 0002 | MTC-00003733
cartath@juno.com | 0001 | MTC-00010433
Cartaya, Julio A. | 0001 | MTC-00019773
Carter, Beth | 0001 | MTC-00007257
Carter, Brett | 0001 | MTC-00017259
Carter, Clayton | 0001 | MTC-00027707
Carter, Davin | 0001 | MTC-00015655
Carter, E. Andre | 0002 | MTC-00027745
Carter, Eric | 0001 | MTC-00016996
Carter, Harvey | 0001 | MTC-00012428
Carter, James | 0002 | MTC-00000241
Carter, James | 0014 | MTC-00033551
Carter, James | 0014 | MTC-00027477
Carter, Jennifer | 0001 | MTC-00020737
Carter, John | 0001 | MTC-00000043
Carter, John | 0001 | MTC-00007148
Carter, John | 0001 | MTC-00021724
Carter, Kevin | 0001 | MTC-00024499
Carter, Lester | 0001 | MTC-00027308
Carter, Lois M. | 0001 | MTC-00026675
Carter, Mark | 0001 | MTC-00011961
Carter, Michael | 0001 | MTC-00010577
Carter, Patsy | 0001 | MTC-00012671
Carter, Rubie C. | 0001 | MTC-00024749
Carter, Stuart | 0002 | MTC-00004150
Carter-Tod, David | 0001 | MTC-00018182
Cartier, Philip | 0001 | MTC-00011252
Cartier, Sharlene | 0001 | MTC-00021804
Cartin, John | 0001 | MTC-00016543
Cartwright, Chance | 0001 | MTC-00011049
Cartwright, FD | 0001 | MTC-00008096
Cartwright, Ian | 0001 | MTC-00013598
Cartwright-Smith, Jeff | 0001 | MTC-00000369
Carty, Liberty | 0001 | MTC-00029669
Carubia, Dino | 0002 | MTC-00007074
Caruduff, John | 0001 | MTC-00024557
Carver, Chris | 0001 | MTC-00022449
Carver, Chris | 0002 | MTC-00014387
Carver, Jeremy | 0001 | MTC-00031599
Carver, Keith | 0001 | MTC-00014946
Carver, Randy | 0001 | MTC-00002321
Carver, Ruth | 0001 | MTC-00024551
Casaday, Kelly | 0001 | MTC-00010108
Casady, Duane | 0002 | MTC-00002158
Casaletto, Geni | 0001 | MTC-00020183
Casamarina@juno.com | 0001 | MTC-00010421
Casavant, Brent | 0004 | MTC-00033406
Casavant, Brian | 0004 | MTC-00023938
Cascio, June | 0001 | MTC-00025341
Case, Chuck | 0001 | MTC-00000202
Case, Coe W. | 0001 | MTC-00001658
Case, Dawn | 0002 | MTC-00032438
Case, Robert Maxwell | 0001 | MTC-00019041
Casebere, Joeanne | 0001 | MTC-00007627
Casebere, Ron | 0001 | MTC-00019333
Casey, Donald S. | 0001 | MTC-00013703
Casey, John | 0001 | MTC-00003456
Casey, Ken | 0001 | MTC-00027140
Casey, Kevin | 0001 | MTC-00011574
Casey, Matthew | 0001 | MTC-00032802
Casey, Philip | 0001 | MTC-00009354
Casey, Walt | 0001 | MTC-00011979
Cash, Elizabeth | 0001 | MTC-00030383
Cash, Mary-Margaret | 0001 | MTC-00030719
Cash, Walker R | 0001 | MTC-00030367
Cashman, Harlan W. | 0001 | MTC-00009954
Cashman, Will | 0001 | MTC-00013360
Cashner, Benjamin | 0001 | MTC-00022140
Cashwell, Judy | 0001 | MTC-00007162
Cason, Alice | 0001 | MTC-00031460
Cason, Vida | 0001 | MTC-00023049
Casper, H.R. | 0001 | MTC-00025001
Cassady, Carol T. | 0002 | MTC-00019436
Cassandra, Anthony | 0001 | MTC-00000800
Cassandra, Anthony R. | 0001 | MTC-00017750
Cassano, Joseph | 0001 | MTC-00017075
Cassell, Chris | 0002 | MTC-00001356
Cassidy, Dennis | 0001 | MTC-00028823
Cassidy, Jim | 0001 | MTC-00016627
Cassidy, Merilyn | 0001 | MTC-00009022
Cassill, Scott | 0001 | MTC-00026113
Casso, Julie | 0001 | MTC-00009120
Castagliola, Leonard and Vanessa | 0002 | MTC-00028205
Castagliola, Vanessa | 0001 | MTC-00029974
Castagno, Jean | 0001 | MTC-00032851
Castaldo, tony | 0001 | MTC-00004186
Casteel, Kathy | 0001 | MTC-00011833
Casteel, Michael | 0002 | MTC-00020151
Casteel, Sharon | 0001 | MTC-00029120
Casteel, Stan | 0001 | MTC-00011877
Castejon-Amenedo, Jose | 0002 | MTC-00004941
Castelein, John | 0002 | MTC-00014749
Castellanos | 0001 | MTC-00031656
Casten, Brian J. | 0001 | MTC-00027204
Caster, Chase | 0001 | MTC-00018868
Casti, David | 0001 | MTC-00003812
Castiglioni, Rosalinda S. | 0001 | MTC-00006443
Castle, Paul | 0001 | MTC-00007018
Castle, Paul | 0001 | MTC-00031916
Castleberry III, Kelly | 0001 | MTC-00007620
Castleberry, Jim | 0001 | MTC-00018502
Castleberry, Kevin B. | 0001 | MTC-00000998
Castles, Gail | 0001 | MTC-00021157
Castro, David | 0001 | MTC-00017121
Castro, Lourdes | 0002 | MTC-00029744
Castroy y Castro, Juan | 0001 | MTC-00017027
Caswell, Jane | 0001 | MTC-00031542
Catalano, Andy | 0001 | MTC-00018888
Catalon Electric@aol.com | 0001 | MTC-00006957
Catapano, Craig | 0001 | MTC-00010801
Catavault | 0017 | MTC-00033650
Cate, Lisa | 0001 | MTC-00032654
Cate, Lisa | 0001 | MTC-00027072
catemilano@aol.com | 0001 | MTC-00017313
Cater, Wayne | 0001 | MTC-00024569
Caterina, Amy | 0001 | MTC-00030271
Catfish | 0001 | MTC-00024910
Cathcart, Bill | 0001 | MTC-00007805
Cather, Donna | 0001 | MTC-00012650
Catherine, Janis | 0001 | MTC-00015817
Catherman, Dave | 0001 | MTC-00032689
Cathey, Fred | 0001 | MTC-00020703
Cathey, Mike | 0001 | MTC-00015475
Cathey, Spencer | 0001 | MTC-00019502
Cathey, V. Ruth | 0002 | MTC-00032192
Catinaud, Laurent | 0001 | MTC-00020274
Cato, Vaughn | 0001 | MTC-00022267
Catron, Norwood | 0002 | MTC-00028458
Catt, Dennis | 0002 | MTC-00027358
Catt, Janet | 0001 | MTC-00020936
Cattell, John | 0001 | MTC-00008090
Cattell, Thomas | 0001 | MTC-00000526
Cauchi, Gary | 0001 | MTC-00010740
Caudill, James | 0001 | MTC-00030298
Caudill, Jon | 0001 | MTC-00021891
Caudill, Richard | 0001 | MTC-00017062
Caudle, Nicolas | 0001 | MTC-00015716
caudo@aol.com | 0001 | MTC-00014588
Caudron, Thoams and Denise | 0001 | MTC-00015004
Caughey, Dale | 0001 | MTC-00007477
Caughey, Dale | 0001 | MTC-00024712
Caughey, Ginny | 0001 | MTC-00005975
Caughron, Mat | 0001 | MTC-00025021
Caugill, Michael | 0001 | MTC-00013396
Caullychurn, Luc | 0001 | MTC-00003113
Causey, Cameron | 0001 | MTC-00002258
Causey, Darlene | 0001 | MTC-00030397
Causey, Mike | 0002 | MTC-00014488
Cauvel | 0001 | MTC-00007851
Cavallaro, Raffael | 0001 | MTC-00001621
Cavallaro, Raffael | 0002 | MTC-00003764
Cavanaugh, Claude | 0001 | MTC-00010992
Cavanaugh, Diane and Barry | 0001 | MTC-00030593
Cavanaugh, Kevin | 0001 | MTC-00005329
Cavanaugh, Marion E. | 0001 | MTC-00027992
Cave, Robert | 0001 | MTC-00012163
Caveman | 0002 | MTC-00004684
Caveney, Robert | 0001 | MTC-00002854
Caverly, Nancy | 0001 | MTC-00026817
Cavin, Douglas A. | 0003 | MTC-00001222
Cawley, Christine | 0001 | MTC-00030227
Cawnell, Colin | 0001 | MTC-00015342
Cayado, Raul | 0001 | MTC-00029408
Cazzola, Jolene | 0001 | MTC-00007032
cbaum@nmbar.org | 0001 | MTC-00024232
CBlech@aol.com | 0001 | MTC-00007432
cbstaz@juno.com | 0001 | MTC-00010437
CC | 0001 | MTC-00001653
ccbannister@home.com | 0001 | MTC-00014575
cctimber@msn.com | 0001 | MTC-00014597
ccurtis@pixxures.com | 0001 | MTC-00018516
cdaughtr@ | 0001 | MTC-00013815
cdbh | 0001 | MTC-00023775
cdj@aol.com | 0001 | MTC-00028067
cdoennecke@aol.com | 0001 | MTC-00026771
cdydr@aol.com | 0001 | MTC-00028587
cebll828@aol.com | 0001 | MTC-00021409
Cebull, Brian | 0001 | MTC-00025342
Cebulski, Mike | 0001 | MTC-00001517
Ceccheltini, Gerard | 0001 | MTC-00023530
Cechota, David | 0002 | MTC-00029816
Ceci, Lou | 0001 | MTC-00024517
Cecil, Leonard | 0001 | MTC-00025792
Cederholm, Kelly | 0002 | MTC-00013725
CEJr48@aol.com | 0001 | MTC-00007139
Celasquez, Fortunato | 0001 | MTC-00026118
Celis, Pedro | 0001 | MTC-00027529
Celis, Pedro | 0001 | MTC-00033570
Celsi, Claire | 0002 | MTC-00013568
Cemkenney@msn.com | 0001 | MTC-00011310
Censky, Mary Ann | 0001 | MTC-00011759
Centaur, Mike | 0001 | MTC-00014945
Center for the Moral Defense of Capitalism | 0011 | MTC-00028833
Centofante, Lorraine | 0001 | MTC-00027070
Ceponis, Casey | 0001 | MTC-00007435
Cerda-Donoso, Leviann | 0001 | MTC-00010410
Cerrato, Joe | 0001 | MTC-00006560
Cervantes, Jess | 0001 | MTC-00030844
Cervasio, Pete | 0002 | MTC-00018481
Cesarini, Paul | 0001 | MTC-00001298
Cespedes, David A. | 0001 | MTC-00013342
Cessna, Joel | 0001 | MTC-00005367
Ceton, David | 0002 | MTC-00033591
cgbotty1@juno.com | 0001 | MTC-00011116
cgcworksinc@juno.com | 0001 | MTC-00011143
Chabot, Chris | 0001 | MTC-00015219
Chabrian, Jerry | 0001 | MTC-00032758
Chacon, Anthony Charles | 0001 | MTC-00013624
Chacon, Hector A. | 0001 | MTC-00031962
Chadbourne, Seth | 0002 | MTC-00024922
Chadick, Andrew | 0002 | MTC-00014776
Chadstrom, Vic | 0001 | MTC-00031805
Chadwick, Andrew | 0006 | MTC-00006254
Chadwick, Benjamin | 0001 | MTC-00020022
Chaffey, Michael | 0001 | MTC-00008715
Chaffey, Michael Patrick | 0001 | MTC-00004250
Chain, Christopher | 0001 | MTC-00013631
Chakas, Donald | 0001 | MTC-00032371
Chakas, Donald S. | 0001 | MTC-00012000
Chalbeck, Kevin | 0001 | MTC-00031677
Challis, Michael | 0001 | MTC-00015656
Chalmers, David | 0001 | MTC-00020362
Chalmers, Morley | 0001 | MTC-00010818
Chalmers, Morley | 0001 | MTC-00008611
Chalmers, Morley | 0001 | MTC-00001483
Chalupnik, Tony | 0001 | MTC-00005138
Chamales, George | 0002 | MTC-00004465
Chamas, Joshua | 0002 | MTC-00002588
Chamberlain, Guthrie | 0001 | MTC-00009272
Chamberlain, Guthrie | 0001 | MTC-00027863
Chamberlain, Roger | 0002 | MTC-00014739
Chamberlain, Scott | 0001 | MTC-00018503
Chambers Sr, Charles | 0001 | MTC-00006771
Chambers, Bob | 0001 | MTC-00020319
Chambers, Charles | 0001 | MTC-00001096
Chambers, Charles Sr. | 0001 | MTC-00011889
Chambers, James | 0001 | MTC-00011967
Chambers, Mike | 0001 | MTC-00001742
Chambers, Steve | 0001 | MTC-00000827
Chamblee, John F. | 0001 | MTC-00019995
Chambless, Bill | 0001 | MTC-00031609
Chamness, John | 0001 | MTC-00006240
Champaigne, Barbara | 0001 | MTC-00033854
champcom@juno.com | 0001 | MTC-00028228
Chan, Chun-Wai | 0001 | MTC-00033826
Chan, Clayton S. | 0001 | MTC-00017495
Chan, Edward | 0001 | MTC-00005383
Chan, Jean | 0001 | MTC-00032752
Chan, Jimmy | 0001 | MTC-00007676
Chan, Nathaniel | 0001 | MTC-00024394
Chan, R. S. | 0001 | MTC-00002397
Chan, Steve | 0001 | MTC-00007034
Chan, Tina | 0001 | MTC-00011710
Chanay, Blaine | 0001 | MTC-00002617
Chance, Jeffrey | 0001 | MTC-00005600
Chance, Mary | 0001 | MTC-00007871
Chandler, Harry | 0001 | MTC-00029375
Chandler, R. A. | 0001 | MTC-00007127
Chandler, Trey | 0001 | MTC-00017690
Chandra, Pravir | 0001 | MTC-00018360
Chandra, Sanjay | 0002 | MTC-00023036
Chandra, Sanjay | 0001 | MTC-00032034
Chandrasekaran, Sashikanth | 0001 | MTC-00017155
Chaney, Adam | 0002 | MTC-00019402
Chaney, Evan | 0001 | MTC-00000853
Chaney, Evan | 0001 | MTC-00003417
Chaney, Gael Marshall | 0001 | MTC-00016891
Chaney, Kenneth | 0001 | MTC-00027181
Chaney, Marshall | 0001 | MTC-00017766
Chang, Chun | 0001 | MTC-00032006
Chang, Chung | 0001 | MTC-00021332
Chang, Chung | 0001 | MTC-00029722
Chang, David | 0001 | MTC-00029632
Chang, Edward | 0001 | MTC-00018652
Chang, Erik | 0001 | MTC-00020719
Chang, Ken | 0001 | MTC-00011180
Chang, Loren | 0001 | MTC-00025634
Chang, Robert K. | 0001 | MTC-00027435
Changaris, Jim | 0001 | MTC-00023990
Changaris, Jim | 0001 | MTC-00023997
Channic, Tom | 0001 | MTC-00016158
Chany, Cal | 0002 | MTC-00000330
Chapin, Jeff | 0001 | MTC-00026936
Chaplin, Andrew | 0001 | MTC-00016586
Chapman, Barney | 0001 | MTC-00030021
Chapman, Brad | 0001 | MTC-00029163
Chapman, Charles | 0001 | MTC-00025545
Chapman, Chester | 0001 | MTC-00022995
Chapman, David | 0001 | MTC-00014233
Chapman, Howard L. | 0001 | MTC-00007870
Chapman, Murray | 0001 | MTC-00000150
Chapman, Nicholas | 0005 | MTC-00030945
Chapman, Norman | 0001 | MTC-00025367
Chapman, Norman | 0001 | MTC-00007252
Chapman, Robert | 0001 | MTC-00007590
Chapman, Rod | 0001 | MTC-00021040
Chapman, Tom | 0001 | MTC-00001018
Chappel, David A. | 0002 | MTC-00018215
Chappell, John and Susan | 0002 | MTC-00026048
Chappell, Richard | 0002 | MTC-00033039
Chapra, Samoer | 0001 | MTC-00026833
Chard, Elliot F. | 0001 | MTC-00025553
Chard, Raj | 0001 | MTC-00013581
Chard, Raj | 0001 | MTC-00014249
Charest, Elie | 0002 | MTC-00013372
Charlap, David | 0001 | MTC-00018135
Charles Tower | 0001 | MTC-00019724
Charles, George | 0002 | MTC-00019575
Charles, Helchie | 0001 | MTC-00024954
Charles, Helen | 0001 | MTC-00005275
Charles, Robert F. | 0001 | MTC-00001162
Charles, Robert F. | 0001 | MTC-00011805
Charles@neinstatler.com | 0001 | MTC-00010416
Charlie, Marian | 0001 | MTC-00014440
Charlwood, Aaron | 0001 | MTC-00016361
Charmella, Joseph | 0001 | MTC-00000966
Charpie, Wesley | 0002 | MTC-00025878
Charrier, Michael | 0002 | MTC-00020808
Charton, Linda and Jack | 0001 | MTC-00006501
Charuhas, Chris | 0001 | MTC-00013054
Chas433@aol.com | 0001 | MTC-00005067
chas8422@hotmail.com | 0001 | MTC-00011136
Chase, Ben | 0002 | MTC-00000318
Chase, Del & Sue | 0001 | MTC-00009302
Chase, Elton W. | 0002 | MTC-00023056
Chase, Randy | 0001 | MTC-00000213
Chasick, Jeff | 0006 | MTC-00023559
chasse39@msn.com | 0001 | MTC-00021958
Chasslay@aol.com | 0003 | MTC-00027087
Chastain, Matthew | 0001 | MTC-00017551
Chastain, Robert | 0001 | MTC-00015322
Chastarn, Howard C. | 0001 | MTC-00013578
Chathan, Andrew | 0001 | MTC-00014909
Chatman, Susan | 0001 | MTC-00028512
Chatman, Todd | 0001 | MTC-00026430
Chatterjee, Sunil | 0001 | MTC-00029937
Chaudhry, Shahid | 0001 | MTC-00011014
Chaurin, Chris | 0001 | MTC-00009433
Chauvin, Joseph | 0001 | MTC-00005914
Chavasse, Cathy | 0001 | MTC-00010999
Chaves, Amy | 0001 | MTC-00014759
Chaves, Chris | 0001 | MTC-00014816
Chavez, Lou | 0001 | MTC-00010036
Cheadle, Tucker | 0001 | MTC-00005444
Cheadle, Tucker | 0001 | MTC-00022390
Cheatwood, Eric | 0001 | MTC-00013733
Cheatwood, Eric | 0002 | MTC-00032205
Checkner, Simon | 0001 | MTC-00026319
Cheely, Ned and Suzy | 0001 | MTC-00032591
Cheely, Suzy | 0001 | MTC-00010759
Cheetham, Robert | 0001 | MTC-00012774
Cheetham, Robert | 0002 | MTC-00004982
Cheezem, James | 0001 | MTC-00017449
Chelini, Clara | 0001 | MTC-00013849
Chell, Jay | 0001 | MTC-00028025
Chemcraft@aol.com | 0003 | MTC-00006879
Chen, Andrew | 0001 | MTC-00003944
Chen, Andrew | 0001 | MTC-00019699
Chen, Curtis | 0001 | MTC-00018070
Chen, Curtis C. | 0001 | MTC-00018034
Chen, David | 0001 | MTC-00005578
Chen, Edwina | 0001 | MTC-00018059
Chen, HAo | 0001 | MTC-00030007
Chen, Jy-Ying Janet | 0001 | MTC-00017747
Chen, Kelly | 0001 | MTC-00005667
Chen, Kuo A. | 0001 | MTC-00026417
Chen, Shane | 0002 | MTC-00027159
Chen-Becker, Derek | 0001 | MTC-00004726
Cheng, Haichen | 0001 | MTC-00011780
Cheng, S. | 0002 | MTC-00012807
Cheng, Tao | 0001 | MTC-00029888
Cheng, Teh | 0001 | MTC-00018005
Cheng, Wen-Ching | 0001 | MTC-00005324
Cherby, Anthony | 0001 | MTC-00007015
Chere, Jocye | 0001 | MTC-00026851
Chernipski, Gary | 0002 | MTC-00023358
Chernov, Marlene | 0001 | MTC-00005310
Cheronad@bellsouth.net | 0001 | MTC-00028220
Cheronis, George | 0001 | MTC-00007970
Cherrington, Aaron | 0001 | MTC-00023329
Cherry, Carter | 0001 | MTC-00006504
Cherry, Carter M. | 0001 | MTC-00000648
Cherry, Rozann | 0001 | MTC-00031422
Chersky, Joe | 0001 | MTC-00028974
Cherubicxgurlie@aol.com | 0001 | MTC-00026949
Cherylbur@aol.com | 0001 | MTC-00009114
Cheshire, Stuart | 0001 | MTC-00002300
Chesne, Jan | 0001 | MTC-00002102
Chesne, Janet | 0001 | MTC-00028664
Chesney, Dennis | 0001 | MTC-00025796
Cheung, Cathy | 0001 | MTC-00023018
Cheung, Deanna | 0001 | MTC-00023344
Cheung, Marc | 0001 | MTC-00009588
Cheung, Mars | 0001 | MTC-00024352
Cheungmd@aol.com | 0001 | MTC-00023323
Cheuoweth, C. C. | 0001 | MTC-00020300
Chevrot, Jean-Mare | 0001 | MTC-00022564
Cheyenne | 0001 | MTC-00005366
Chi, Eugene | 0002 | MTC-00014262
Chi, Gregory | 0001 | MTC-00000931
Chi, Jane F. | 0001 | MTC-00011943
Chia, Linda | 0002 | MTC-00027330
Chiang, Lisa | 0001 | MTC-00000904
Chiang, Ted | 0001 | MTC-00018058
Chiappetta, Linda N. | 0001 | MTC-00007131
Chiarodit, Thomas | 0001 | MTC-00019971
Chiat, Henry | 0001 | MTC-00008641
Chichester, Ronald L. | 0004 | MTC-00027366
Chick, D. R. | 0001 | MTC-00006164
Chick1040 | 0001 | MTC-00028291
Chicklarge@aol.com | 0001 | MTC-00005815
Chicks, Mona | 0001 | MTC-00008661
Chicoine, COlin | 0001 | MTC-00026910
Chidiac, J ohnny | 0001 | MTC-00026872
Chief Chief | 0001 | MTC-00000611
Chiefrob2@juno.com | 0001 | MTC-00010868
Chierici, Gary | 0001 | MTC-00007899
Chiesa, Alfred | 0002 | MTC-00019113
Chiesa, Dino | 0002 | MTC-00003922
Chijiwa, Ryo | 0001 | MTC-00013044
Chikalla, Ronald | 0002 | MTC-00030075
Chiko, Brian | 0001 | MTC-00019431
Childers, Alvin | 0001 | MTC-00031879
Childers, Eileen F. | 0001 | MTC-00020478
Childers, Elsie | 0002 | MTC-00033315
Childers, Larry | 0001 | MTC-00016747
Childers, Linda | 0001 | MTC-00021774
Childerston, Nancy | 0001 | MTC-00022491
Childs, Brian | 0001 | MTC-00017984
Childs, Marian | 0001 | MTC-00010627
Childs, Rand H. | 0001 | MTC-00002291
Childs, Robert | 0001 | MTC-00014188
Childs, Robert A. | 0001 | MTC-00029085
Chilson, Timothy R. | 0002 | MTC-00028866
Chilson, Todd | 0001 | MTC-00004589
Chin, Boleley | 0001 | MTC-00026580
Chin, Eduardo | 0001 | MTC-00009045
Chin, Irene and Danny | 0002 | MTC-00029952
Chin, Jeff | 0001 | MTC-00024697
Chinamarie45@juno.com | 0001 | MTC-00010914
Chine, Joe | 0001 | MTC-00020978
Ching, Ellen | 0001 | MTC-00005733
Chiofolo, Carl | 0001 | MTC-00030785
chip@the-altmans.net | 0002 | MTC-00027823
chipan413@aol.com | 0001 | MTC-00016023
Chipdey, Pratik | 0001 | MTC-00005330
Chipka, Avery | 0001 | MTC-00003339
Chippindale, B. J. | 0002 | MTC-00002528
Chirico, Grace | 0001 | MTC-00033839
Chirico, Jeff | 0002 | MTC-00025029
Chiricosta, Dominick | 0001 | MTC-00012489
Chironis, George | 0001 | MTC-00011688
Chiruvolu, Vikram | 0003 | MTC-00022834
Chisek, Sean | 0001 | MTC-00027659
Chiselm, Paul | 0002 | MTC-00023524
Chistensen, Thomas | 0002 | MTC-00012704
Chittenden, Dean | 0001 | MTC-00031688
Chittenden, Dean | 0001 | MTC-00031689
Chittenden, Steve | 0001 | MTC-00011783
Chiu, Sharon | 0001 | MTC-00010980
chloeckm@aol.com | 0001 | MTC-00023823
Cho, Dong Hyub | 0001 | MTC-00027284
Choate, B. Paul | 0001 | MTC-00012848
Choate, Betty | 0001 | MTC-00006336
Chodera, John D. | 0001 | MTC-00018288
Chohanmotor | 0001 | MTC-00026115
Choi, Eunice | 0001 | MTC-00027725
Chojnacki, Leon | 0001 | MTC-00008508
choliusa@aol.com | 0001 | MTC-00013811
Chong, George | 0001 | MTC-00019054
Chongsiriwatana, Songsdhit | 0001 | MTC-00013498
Choper, Herman | 0001 | MTC-00026952
Chopp, Frank | 0002 | MTC-00031983
Chou, Mark | 0001 | MTC-00020419
Chou, Matilda | 0001 | MTC-00000877
Choudhary, Karulal | 0002 | MTC-00004260
Choung, Jin | 0001 | MTC-00025804
Chow, Benson | 0002 | MTC-00027496
Chow, Benson | 0002 | MTC-00027503
Chowdhury, Edward | 0001 | MTC-00015792
Choy, Gene | 0001 | MTC-00020163
Choy, Michael | 0001 | MTC-00021775
Choy, Michael | 0001 | MTC-00021798
Choy, Mike | 0001 | MTC-00021881
Chretien, Jerry | 0001 | MTC-00019610
Chris | 0001 | MTC-00000446
Chris | 0001 | MTC-00027908
Chris | 0001 | MTC-00015041
Chris | 0001 | MTC-00015576
Chris, C. | 0001 | MTC-00032347
chriscypher | 0001 | MTC-00019275
Chrisitie, David | 0001 | MTC-00023179
Christ, Alex | 0001 | MTC-00001494
Christ, Peter | 0001 | MTC-00007061
Christansen | 0001 | MTC-00016828
Christello, Patricia | 0001 | MTC-00030092
Christens-Barry, Bill | 0001 | MTC-00015719
Christensen, Carl | 0001 | MTC-00016332
Christensen, Charles | 0002 | MTC-00020317
Christensen, Clark | 0001 | MTC-00016573
Christensen, Clayton L. | 0001 | MTC-00007560
Christensen, Collin | 0001 | MTC-00014823
Christensen, David | 0001 | MTC-00025781
Christensen, Dewayne | 0001 | MTC-00001436
Christensen, Mark | 0001 | MTC-00013334
Christensen, Marty | 0001 | MTC-00006801
Christensen, Maryann | 0001 | MTC-00032760
Christensen, Rhonda | 0001 | MTC-00009080
Christensen, Steven | 0001 | MTC-00003078
Christensen, Todd | 0001 | MTC-00033656
Christian, Baren | 0001 | MTC-00030195
Christian, Dan | 0001 | MTC-00017025
Christian, Dorothy | 0001 | MTC-00030196
Christian, Edwin F. | 0001 | MTC-00005137
Christian, Julia | 0001 | MTC-00017171
Christian, Karen | 0001 | MTC-00029778
Christian, Ozie | 0001 | MTC-00010765
Christiansen, Eric | 0001 | MTC-00015685
Christiansen, Mark | 0001 | MTC-00025859
Christianson, Donna | 0001 | MTC-00013005
Christianson, Russ | 0001 | MTC-00012365
Christie, Daniel | 0001 | MTC-00028523
Christie, Daniel L. | 0001 | MTC-00005771
Christie, Daniel L. | 0001 | MTC-00001813
Christie, John | 0001 | MTC-00015284
christine—doerr@hotmail.com | 0001 | MTC-00024768
Christman, Gregg | 0001 | MTC-00005219
Christman, Gregg | 0001 | MTC-00013744
Christman, Gregg | 0001 | MTC-00025531
Christman, Roy | 0001 | MTC-00000978
Christmen, Robert W. | 0001 | MTC-00029568
Christoff, Matt | 0001 | MTC-00015156
Christoff, Matt | 0001 | MTC-00015165
Christoffersen, Paul | 0001 | MTC-00012346
Christofferson, Brett | 0002 | MTC-00000645
Christofferson, Neils | 0001 | MTC-00012790
CHristophel, Craig | 0001 | MTC-00014862
Christopher, Anthony | 0003 | MTC-00031593
Christopher, Ivar | 0001 | MTC-00018208
Christopher, Jason | 0001 | MTC-00019056
Christopher, Tony | 0002 | MTC-00028042
Christopher.shaffer@ gbbragg.com | 0001 | MTC-00028652
Christy, Bill | 0001 | MTC-00011453
Christy, David | 0001 | MTC-00017861
Christy, Timothy L. | 0001 | MTC-00000442
Chrusciel, Robert | 0001 | MTC-00007043
Chstaf01@ athena.louisville.edu | 0001 | MTC-00024763
Chstudstill@ juno.com | 0001 | MTC-00028103
Chtourov, Halim | 0001 | MTC-00000271
Chu, Howard | 0001 | MTC-00005762
Chu, Jay | 0002 | MTC-00024574
Chu, John | 0001 | MTC-00020198
Chua, Jose | 0001 | MTC-00014955
ChuchHlehl@aol.com | 0001 | MTC-00009549
Chuck and Deanna | 0001 | MTC-00025389
Chuck, Barb | 0001 | MTC-00008450
ChuckMor@aol.com | 0001 | MTC-00019594
chuckselk@juno.com | 0001 | MTC-00024800
Chumney, Martha | 0001 | MTC-00020740
Chun, Rodney | 0004 | MTC-00027313
Chundrlek | 0001 | MTC-00016616
Church, Jason | 0002 | MTC-00032187
Church, Kevin | 0001 | MTC-00022623
Churchill, Charles | 0001 | MTC-00016334
Churchill, Ryan R. | 0001 | MTC-00022173
Churchill, Victor | 0001 | MTC-00002749
Chuter, Chris | 0001 | MTC-00016683
Chwick, A. J. | 0001 | MTC-00006260
chwtoy@attbi.com | 0001 | MTC-00018201
Chynadahll1@juno.com | 0001 | MTC-00010869
Chyttacek, Mike | 0001 | MTC-00003977
Ciao, James | 0001 | MTC-00029838
Ciarlo, Sally | 0001 | MTC-00010736
Cicala, Chris | 0001 | MTC-00001820
Cicero, Carol | 0001 | MTC-00007083
Ciconte, Joe | 0001 | MTC-00005110
ciecie@juno.com | 0001 | MTC-00019307
Cieola, Jon | 0001 | MTC-00015298
Cihak, John F. | 0001 | MTC-00031627
Cilley, Herb | 0001 | MTC-00008863
Cimenski, Auralia | 0001 | MTC-00010009
Cimetta, Henny | 0001 | MTC-00008015
Cimino, Irene | 0001 | MTC-00031259
Cinnater, William | 0001 | MTC-00019102
Ciolli, Ted | 0001 | MTC-00011258
Cipolla, Arthur F. | 0001 | MTC-00005754
Cirillo, Joe | 0001 | MTC-00011507
Cirillo, Joe | 0001 | MTC-00021748
Cirtin, Arnold | 0001 | MTC-00031766
Cismowski, Lonnie J. | 0001 | MTC-00013989
Citak, Edward | 0001 | MTC-00012188
Citizens for a Sound Economy | 0072 | MTC-00029886
Citti, John G. | 0001 | MTC-00007455
Cividino, Dora | 0001 | MTC-00029289
Cizerle, Tony | 0002 | MTC-00025117
CJ | 0001 | MTC-00002960
cjarsenault@juno.com | 0001 | MTC-00010479
cjchris@home.msen.com | 0001 | MTC-00014327
CJGX@aol.com | 0001 | MTC-00006550
cjscaparo@juno.com | 0001 | MTC-00011135
Claasen, Ben | 0002 | MTC-00030822
Clabaugh, Jerry | 0003 | MTC-00004870
Clabaugh, Jert | 0003 | MTC-00025094
Claborn, Gilbert | 0001 | MTC-00011657
Claburn, Thomas | 0001 | MTC-00019210
Claffy, K. | 0001 | MTC-00022352
Claggett, Eric | 0001 | MTC-00006778
Clancy, Deborah Kaplan | 0001 | MTC-00012062
Clancy, Mark L. | 0002 | MTC-00017534
Claney, Kathy | 0001 | MTC-00033181
Claninger, Bob | 0001 | MTC-00013776
Clapes, Tony | 0023 | MTC-00004159
Clapp, Larry | 0001 | MTC-00024259
Clare, Kenneth | 0001 | MTC-00033196
Clark, Bradley | 0001 | MTC-00002946
Clark, Brian | 0001 | MTC-00001449
Clark, Brian | 0001 | MTC-00013392
Clark, Charles | 0001 | MTC-00022549
Clark, Conrad | 0001 | MTC-00015392
Clark, David | 0001 | MTC-00002488
Clark, David | 0001 | MTC-00023773
Clark, Doug | 0001 | MTC-00001923
Clark, Doug | 0001 | MTC-00027761
Clark, Edward T. | 0001 | MTC-00033724
Clark, Eric | 0001 | MTC-00022806
Clark, Francis | 0001 | MTC-00029043
Clark, Gary | 0002 | MTC-00033144
Clark, George | 0002 | MTC-00033025
Clark, Gloria | 0001 | MTC-00012647
Clark, Jack | 0001 | MTC-00032982
Clark, James | 0001 | MTC-00022552
Clark, James | 0002 | MTC-00007047
Clark, Jeffrey L. | 0003 | MTC-00022902
Clark, John | 0001 | MTC-00003572
Clark, Joshua | 0001 | MTC-00018134
Clark, Katherine | 0001 | MTC-00003525
Clark, Kevin | 0002 | MTC-00028054
Clark, Larry | 0001 | MTC-00009163
Clark, Lawrence | 0001 | MTC-00025417
Clark, Les | 0001 | MTC-00025127
Clark, Lynn | 0001 | MTC-00020291
Clark, M. | 0001 | MTC-00004323
Clark, Margaret | 0001 | MTC-00012461
Clark, Matthew J. | 0001 | MTC-00018476
Clark, Michael | 0002 | MTC-00015268
Clark, Michael F. | 0001 | MTC-00009099
Clark, Miriana | 0001 | MTC-00024363
Clark, Morgan | 0002 | MTC-00033409
Clark, Nate | 0003 | MTC-00024568
Clark, Nick | 0001 | MTC-00008053
Clark, Nick | 0001 | MTC-00012770
Clark, Peter | 0001 | MTC-00017092
Clark, Raymond J. | 0001 | MTC-00003000
Clark, Robert | 0002 | MTC-00033497
Clark, Scott | 0002 | MTC-00032449
Clark, Scott | 0001 | MTC-00025944
Clark, Shana | 0002 | MTC-00033634
Clark, Sharon & Joyce | 0001 | MTC-00009696
Clark, Sharon & Joyce | 0001 | MTC-00009697
Clark, Stan | 0001 | MTC-00029883
Clark, Steve | 0001 | MTC-00001333
Clark, Steve | 0001 | MTC-00015046
Clark, T.D. | 0001 | MTC-00017287
Clark, Timothy | 0001 | MTC-00004981
Clark, Todd | 0001 | MTC-00012401
Clark, Tom | 0001 | MTC-00015736
Clark, William | 0001 | MTC-00012470
Clarke, David | 0001 | MTC-00008488
Clarke, Fred | 0001 | MTC-0008094
Clarke, Joan | 0001 | MTC-00008243
Clarke, Joyce | 0001 | MTC-00026160
Clarke, Marcia M. | 0001 | MTC-00025725
Clarke, Rex | 0001 | MTC-00000771
Clarke, Rob | 0001 | MTC-00021116
clarke@qx.net@inetgw | 0001 | MTC-00016501
Clarkson, Greg | 0001 | MTC-00002824
Clarkson, Greg | 0001 | MTC-00002802
Clarkson, Willy | 0001 | MTC-00021659
Clason, Larry | 0001 | MTC-00012088
Classen, Ben | 0001 | MTC-00008657
Classen, Carl | 0001 | MTC-00006646
Classen, Howard | 0001 | MTC-00026802
Clatterlouck, Thomas | 0001 | MTC-00007621
Claudon, Shirley | 0001 | MTC-00030188
Clausen, Scott | 0001 | MTC-00021583
Clauset, Aaron | 0001 | MTC-00021500
Clauset, Ethan | 0001 | MTC-00022125
Clausson, Mark | 0001 | MTC-00014259
Clavsnitzer, Scott | 0001 | MTC-00015906
Clawson, Scott | 0001 | MTC-00013053
Claxton, C. Porter | 0001 | MTC-00012556
Clay, Jesse L. | 0001 | MTC-00029996
Clay, John M. | 0001 | MTC-00001902
Claybaugh, Jonathan | 0002 | MTC-00000895
Clayton, Adam N. | 0001 | MTC-00018304
Clayton, Jeffrey | 0001 | MTC-00010196
Clayton, Jon | 0002 | MTC-00032162
Clayton, Jon H. | 0002 | MTC-00033659
Clayton, Richard | 0001 | MTC-00027583
Clayton, Robert | 0001 | MTC-00028904
Clayton, William | 0001 | MTC-00021636
Claywell, Charles | 0002 | MTC-00005126
Clear, Don | 0002 | MTC-00005361
Clear, Temy | 0001 | MTC-00007194
Clearwater, Jeff | 0003 | MTC-00029272
Cleary, Chris | 0001 | MTC-00008695
Cleary, Chris | 0001 | MTC-00015163
Cleary, Stephan | 0001 | MTC-00018450
Cleaveland, Peter | 0001 | MTC-00004239
Cleef | 0001 | MTC-00005827
Clegg, Nathan | 0001 | MTC-00022136
Cleland, Rosemary | 0001 | MTC-00032894
Cleland, Thomas | 0001 | MTC-00021630
Clem, Anthony | 0002 | MTC-00031529
Clemens, Arlene M. | 0002 | MTC-00032009
Clemens, John D. Jr | 0002 | MTC-00032010
Clement, Blaize | 0001 | MTC-00002681
Clement, Blaize | 0001 | MTC-00004639
Clement, Carl J. | 0001 | MTC-00000605
Clement, Carl J. | 0001 | MTC-00011644
Clement, Charles S. | 0002 | MTC-00001443
Clements, James | 0001 | MTC-00015464
Clements, Kayle | 0001 | MTC-00025836
Clements, Larry | 0001 | MTC-00002882
Clements, William | 0001 | MTC-00019254
Clements, William A. | 0001 | MTC-00011978
Clemins, Patrick | 0001 | MTC-00005579
Clemons, Charles | 0001 | MTC-00014252
Clemons, Darrell | 0001 | MTC-00029439
Clemons, P. | 0001 | MTC-00012885
Clemson, james | 0001 | MTC-00023548
Clendenin, Gerald L. | 0001 | MTC-00031362
Clerkin, Andrew | 0001 | MTC-00010531
Cleveland, Scott | 0001 | MTC-00021493
Cleverly, Jeff | 0001 | MTC-00019478
clevno@realexcellence.com | 0001 | MTC-00028645
Clewley, Daniel T. | 0007 | MTC-00004523
clfhif@juno.com | 0001 | MTC-00010357
Click, Kevin A. | 0001 | MTC-00001023
Cliff, James | 0001 | MTC-00008908
Cliff, James E. | 0003 | MTC-00004107
Clifford, Sean M. | 0001 | MTC-00017898
Clifton, Daniel | 0001 | MTC-00028853
Clifton, Doug | 0001 | MTC-00002976
Clifton, Mark | 0001 | MTC-00008596
Clifton, Virginia | 0002 | MTC-00026086
Cline, Charles | 0001 | MTC-00008673
Cline, Danny | 0001 | MTC-00031294
Cline, Ernie | 0002 | MTC-00004474
Cline, Mary Jo | 0001 | MTC-00023342
Cline, Peter | 0001 | MTC-00005580
Clinesmith, Dorothy | 0001 | MTC-00008103
Clinger, Deke | 0001 | MTC-00018884
Clinton, Thomas J. | 0001 | MTC-00005255
Clinton, Webb D. | 0002 | MTC-00028271
Clinton, William | 0001 | MTC-00021754
clintwood456@juno.com | 0001 | MTC-00028113
Clive, Myers | 0001 | MTC-00019703
Clodfelter, Ann | 0002 | MTC-00026711
Clodius, Jen | 0001 | MTC-00015249
Cloninger, Bob | 0001 | MTC-00002805
Cloninger, M. Charks | 0002 | MTC-00030864
CLontz, Lee | 0001 | MTC-00018928
Clontz, Randy | 0001 | MTC-00021755
Close, Andrew | 0001 | MTC-00018639
Close, Eric | 0001 | MTC-00012896
Close, Scot | 0001 | MTC-00018927
Cloud, Daniel | 0001 | MTC-00013917
Clough, Ralph D. | 0001 | MTC-00032379
Clouse, Ray | 0001 | MTC-00017154
Clouse, William | 0001 | MTC-00000049
Clowers, Harvey | 0001 | MTC-00004883
Cloyd, Nicholas | 0001 | MTC-00005521
Clucas, Edward | 0001 | MTC-00007092
Cluff, Wayne | 0001 | MTC-00031583
Clunis, Stavros | 0001 | MTC-00019434
clvanouken@mindspring.com | 0001 | MTC-00028213
Clyde and Jean | 0001 | MTC-00004341
Clyde, Ray | 0001 | MTC-00024346
Clyde.neih@gene.ge.com | 0001 | MTC-00011413
CMayer | 0002 | MTC-00013790
cmnsy | 0001 | MTC-00025187
CMS | 0001 | MTC-00025131
CMSarge@aol.com | 0001 | MTC-00006405
cnfjennings@home.com | 0001 | MTC-00015953
Coad, Edwin E. | 0001 | MTC-00000119
Coady, Tom | 0001 | MTC-00014982
Coan, Paul | 0001 | MTC-00015399
Coast Net | 0001 | MTC-00004183
Coats, Carlie | 0002 | MTC-00016669
Cobaugh, Eric | 0001 | MTC-00030967
Cobb, Betty J. | 0001 | MTC-00009639
Cobb, Burton | 0001 | MTC-00021077
Cobb, Chris | 0002 | MTC-00019952
Cobb, D. Carlton | 0002 | MTC-00033120
Cobb, David A. | 0002 | MTC-00010530
Cobb, Frank | 0001 | MTC-00007038
Cobb, John | 0001 | MTC-00012426
Cobb, Paul and Theresa | 0001 | MTC-00030119
Cobb, Verlene | 0001 | MTC-00007488
Cobb, Wayne | 0001 | MTC-00013212
Cobey, B. | 0001 | MTC-00031839
Coble, John | 0001 | MTC-00024686
Cobler, Ken | 0004 | MTC-00010201
Coburn, Jeff | 0001 | MTC-00017954
Cochell, Darrell | 0001 | MTC-00026862
Cochran, Joe | 0001 | MTC-00026213
Cochran, John and BJ | 0002 | MTC-00026788
Cochran, Kenneth | 0001 | MTC-00027762
Cochran, Mel | 0001 | MTC-00011664
Cochrane, Dan | 0001 | MTC-00020582
Cochrane, George | 0001 | MTC-00010365
Cochrane, Jarvis | 0002 | MTC-00026624
Cochrane, John | 0001 | MTC-00020551
Cocke, Michael W. | 0001 | MTC-00020549
Cocke, Nancy C. | 0001 | MTC-00031458
Cockey, Josh | 0001 | MTC-00017631
Cocking, John | 0001 | MTC-00019649
Cody, Barbara | 0001 | MTC-00011663
Cody, Daniel J. | 0001 | MTC-00019799
Cody, Mark | 0001 | MTC-00006048
Cody, R. | 0001 | MTC-00006465
Coekaerts, Wim | 0001 | MTC-00003689
Coen, Donna | 0001 | MTC-00006241
Coen, Rob | 0001 | MTC-00018862
Coenen, Sascha | 0002 | MTC-00011088
Coetzee, Dirk | 0001 | MTC-00002561
Cofer, Cliff | 0002 | MTC-00032494
Coffee, Frank | 0001 | MTC-00024226
Coffey, Clyde | 0001 | MTC-00003442
Coffey, Maggie | 0001 | MTC-00003853
Coffin, Greg | 0002 | MTC-00002773
Coffing, Charles | 0001 | MTC-00016394
Cofoid, Jody | 0001 | MTC-00007130
Cog | 0001 | MTC-00023166
Coggins, Jay | 0001 | MTC-00016934
Coha, Alfred | 0001 | MTC-00014463
Cohen, Burton | 0001 | MTC-00010208
Cohen, Burton | 0007 | MTC-00022821
Cohen, Burton | 0005 | MTC-00027090
Cohen, C. Alexander | 0002 | MTC-00001505
Cohen, Daniel | 0002 | MTC-00018044
Cohen, Daniel | 0001 | MTC-00031895
Cohen, Dov G. | 0001 | MTC-00020324
Cohen, Elaine | 0001 | MTC-00010726
Cohen, Glenca | 0001 | MTC-00031269
Cohen, Herb | 0001 | MTC-00006871
Cohen, Howard Allen | 0002 | MTC-00020534
Cohen, Michael E. | 0001 | MTC-00022458
Cohen, Mike | 0001 | MTC-00020051
Cohen, Peter | 0001 | MTC-00025305
Cohen, Shelly | 0001 | MTC-00007374
Cohen, Steve | 0003 | MTC-00004580
Cohen, Steve | 0001 | MTC-00007209
Cohick, Jeremiah | 0001 | MTC-00025120
Cohick, Nathan | 0001 | MTC-00017793
Cohill, Andrew | 0001 | MTC-00030672
Cohn, Steve | 0001 | MTC-00001277
Coir, Al | 0001 | MTC-00002070
Coker, Dave | 0001 | MTC-00004425
Coker, Dave | 0001 | MTC-00001545
Coker, Kim | 0001 | MTC-00028990
Col. Kurtz | 0001 | MTC-00003637
Colassanti, Stefano | 0001 | MTC-00010299
Colber, Kenneth | 0003 | MTC-00030771
Colbert, David E. | 0001 | MTC-00026713
Colbert, Mark | 0001 | MTC-00005462
Colburn, Todd | 0001 | MTC-00025771
Colburn, William | 0001 | MTC-00008031
Colby, David | 0001 | MTC-00022687
Colclasure, Richard | 0001 | MTC-00002584
Coldiron, William | 0001 | MTC-00012487
Cole, MIchael | 0001 | MTC-00010583
Cole, Audrey | 0001 | MTC-00028516
Cole, Buzz | 0001 | MTC-00012703
Cole, Carl and Mable | 0001 | MTC-00023111
Cole, Carl and Mable | 0001 | MTC-00023112
Cole, Corey | 0001 | MTC-00022708
Cole, David | 0001 | MTC-00025064
Cole, David L. | 0001 | MTC-00011108
Cole, Elmer | 0001 | MTC-00022392
Cole, Ivan | 0001 | MTC-00029806
Cole, Jemal Eddin | 0001 | MTC-00014984
Cole, John | 0001 | MTC-00015673
Cole, Jonathan | 0001 | MTC-00016527
Cole, Larry | 0001 | MTC-00021894
Cole, Louise | 0001 | MTC-00004956
Cole, Marcus | 0001 | MTC-00016732
Cole, Michael | 0001 | MTC-00018562
Cole, Michael J. | 0001 | MTC-00018698
Cole, Nelson | 0001 | MTC-00031455
Cole, Richard | 0001 | MTC-00008544
Cole, Richard | 0002 | MTC-00001407
Cole, Ryan | 0002 | MTC-00018317
Coleman | 0001 | MTC-00004059
Coleman, Anthony | 0002 | MTC-00017339
Coleman, Bob | 0001 | MTC-00008752
Coleman, James | 0001 | MTC-00004557
Coleman, Jim | 0004 | MTC-00000736
Coles, Howard | 0001 | MTC-00001848
Coles, Martin | 0001 | MTC-00011230
colethompson@netscape.net | 0001 | MTC-00019590
Coley, Norman | 0001 | MTC-00024924
Colgan, Matt | 0001 | MTC-00018882
Colgrove, Robin | 0003 | MTC-00013414
Colin, Stuart | 0001 | MTC-00023125
Collar, John | 0001 | MTC-00032660
Collard, Debra | 0001 | MTC-00023039
Collas, Juan | 0001 | MTC-00021069
Colle, Ian R. | 0001 | MTC-00013156
Collective Automatic Shoes | 0001 | MTC-00015859
Collette, Candy | 0001 | MTC-00021031
Colley, Paul | 0001 | MTC-00004007
Collier, Mark and Pam | 0001 | MTC-00027224
Collier, W.A. | 0002 | MTC-00015901
Collies, Howard | 0001 | MTC-00026868
Colligan, Andy | 0001 | MTC-00023819
Colligan, Andy | 0001 | MTC-00033343
Colligon, Leslie | 0001 | MTC-00032058
Collinge, Douglas J. | 0001 | MTC-00018017
Collins, Anita | 0001 | MTC-00012539
Collins, Bert | 0001 | MTC-00015239
Collins, Charles | 0001 | MTC-00014002
Collins, Chris | 0001 | MTC-00023197
Collins, Christine | 0001 | MTC-00030354
Collins, Daniel R. | 0002 | MTC-00015828
Collins, Diane | 0001 | MTC-00012434
Collins, Diane | 0001 | MTC-00029266
Collins, James | 0001 | MTC-00032690
Collins, James | 0002 | MTC-00031715
Collins, James E. | 0001 | MTC-00021875
Collins, Jason | 0001 | MTC-00017774
Collins, Jason | 0001 | MTC-00015173
Collins, Jeffrey | 0002 | MTC-00003719
Collins, Jeffrey | 0001 | MTC-00013178
Collins, Jeffrey G. | 0001 | MTC-00002544
Collins, Joe | 0001 | MTC-00031897
Collins, Joseph | 0001 | MTC-00024047
Collins, Mark | 0002 | MTC-00031087
Collins, Mark | 0002 | MTC-00029921
Collins, Martin | 0001 | MTC-00007295
Collins, Michael | 0001 | MTC-00023552
Collins, Michael P. | 0002 | MTC-00023955
Collins, Ned | 0001 | MTC-00007358
Collins, Pat | 0002 | MTC-00012093
Collins, Pat | 0001 | MTC-00029575
Collins, Phil | 0001 | MTC-00029438
Collins, Ray | 0001 | MTC-00027918
Collins, Roy | 0001 | MTC-00022045
Collins, Scott | 0001 | MTC-00015427
Collins, Ski | 0001 | MTC-00003369
Collins, Stanton E. | 0001 | MTC-00001304
Collins, tom | 0001 | MTC-00006777
Collins, Valerie | 0001 | MTC-00027315
Collins, William | 0001 | MTC-00018153
CollinsF3@aol.com | 0001 | MTC-00008999
COLLINSF3@aol.com | 0001 | MTC-00032395
Collison, David L. | 0001 | MTC-00002431
Collison, Tom | 0001 | MTC-00007923
Collison, Tom | 0001 | MTC-00024140
Collister, Lyle | 0001 | MTC-00022129
Collister, Mark | 0001 | MTC-00002834
Colmer, Ed | 0001 | MTC-00019286
Colombo, Charles | 0001 | MTC-00019956
Colome, Marcos | 0001 | MTC-00002949
Colome, Marcos | 0001 | MTC-00002952
Colon, A | 0002 | MTC-00032587
Colonna, Norm | 0001 | MTC-00007891
Colonna, Norm | 0001 | MTC-00031777
Colpo, Anthony | 0002 | MTC-00023349
Colquitt, Maureen | 0001 | MTC-00002429
Colson, Jay | 0001 | MTC-00013313
Colter, Danuel | 0001 | MTC-00011400
Colthorp, Bernita | 0002 | MTC-00010192
Colthorp, Bernita | 0001 | MTC-00014097
Colthorp, Drew | 0001 | MTC-00019429
Colussi, Kevin | 0002 | MTC-00004468
Colvin, Frances | 0001 | MTC-00012281
colvinn1@muohio.edu | 0001 | MTC-00028612
Colwell, Billy | 0002 | MTC-00009681
Colwell, Joshua | 0001 | MTC-00002459
Colyer, Matthew | 0001 | MTC-00019207
Combar, Fran | 0001 | MTC-00005843
Combs, Curtis | 0001 | MTC-00004564
Combs, David | 0001 | MTC-00015254
Combs, Doyle | 0001 | MTC-00015252
Combs, Jimmy | 0001 | MTC-00024863
Combs, Mike | 0001 | MTC-00003058
Comcepcion, Eric | 0002 | MTC-00016708
Comeau, John C. | 0001 | MTC-00033697
Comeaux, Carol B. | 0001 | MTC-00002430
Comery, Sean | 0001 | MTC-00032556
Comfoltey, Gabirelle | 0002 | MTC-00026904
Comleson, David | 0002 | MTC-00000787
Comly, Albert R. | 0001 | MTC-00009164
Commer, Bobby | 0002 | MTC-00005189
Commerford, Richard | 0001 | MTC-00007471
comp-jooe@grnro.net | 0001 | MTC-00024260
Compeau, Mike | 0001 | MTC-00018786
comptoby@bellsouth.net | 0001 | MTC-00021433
Compton, Chris | 0001 | MTC-00004746
Compton, D. Woodrow | 0001 | MTC-00000548
Compton, Dan | 0001 | MTC-00018543
Compton, Ken | 0001 | MTC-00028261
Compton, Mark | 0001 | MTC-00003514
Compton, Rob | 0001 | MTC-00015135
Compton, Ted | 0001 | MTC-00020502
Compton, Zelia | 0001 | MTC-00007638
compu.help@ compuserve.com | 0002 | MTC-00013312
Computer and Communications Industry Association | 0183 | MTC-00030610
Computer City Distribution | 0001 | MTC-00020438
Computing Technology Industry Association | 0019 | MTC-00028726
Conant, Phyllis | 0001 | MTC-00029355
Conces, Mary | 0001 | MTC-00010609
Concetta2882@ hotmail.com | 0001 | MTC-00010360
Concogne, David | 0001 | MTC-00011151
Conden, Dennis | 0001 | MTC-00002933
Condes, Roger | 0001 | MTC-00015959
Condie, Bob | 0002 | MTC-00012143
Condon, Tom | 0001 | MTC-00019983
Condroski, Kevin | 0002 | MTC-00004202
Cone, John | 0001 | MTC-00021705
Conen, Lesi Patricia | 0001 | MTC-00032897
Coney, Lynn S. | 0001 | MTC-00006998
Confer, Holt | 0001 | MTC-00022452
Congdon, Brad | 0001 | MTC-00010132
Congdon, Richard | 0001 | MTC-00017888
Conger, Austin | 0001 | MTC-00013867
Conger, Chris A. | 0001 | MTC-00017457
Conger, Dave | 0001 | MTC-00006618
Conito, William A. | 0001 | MTC-00030050
Conk, Blaine | 0002 | MTC-00033299
Conklin, George | 0001 | MTC-00015412
Conklin, Kirk | 0002 | MTC-00005635
Conklin, Michael | 0001 | MTC-00032741
Conlan, Patrick | 0002 | MTC-00006720
Conlen, Bill | 0002 | MTC-00008817
Conley, David | 0001 | MTC-00009284
Conley, Ric | 0001 | MTC-00015181
Conley, Tim | 0001 | MTC-00020071
Conlon, Patrick | 0001 | MTC-00004201
Connaugh, Phillip M. | 0002 | MTC-00011781
Connaught, Phillip M. | 0001 | MTC-00006852
Connaughton, James | 0001 | MTC-00031927
Connaughton, Jennifer | 0002 | MTC-00031928
Conneely, Bernie | 0010 | MTC-00029782
Connell, Rick | 0001 | MTC-00009236
Connell, W.E. | 0002 | MTC-00033041
Connelly, Jeremiah | 0001 | MTC-00001444
Connelly, Paul | 0003 | MTC-00023825
Connelly, Paul | 0003 | MTC-00033346
Connelly, Peter | 0002 | MTC-00026372
Conneny, Jim | 0001 | MTC-00024019
Conner, Ben | 0001 | MTC-00017887
Conner, Charles D. | 0002 | MTC-00027594
Conner, Donald | 0002 | MTC-00021006
Conner, Elizabeth | 0001 | MTC-00012366
Conner, Jeff | 0001 | MTC-00007395
Conner, Jessie | 0001 | MTC-00009609
Conner, Mikel | 0001 | MTC-00012222
Conner, Ty | 0001 | MTC-00010763
Conners, Matt | 0001 | MTC-00019853
Conners, Mick | 0001 | MTC-00001739
Connett, Brian | 0001 | MTC-00012337
Connolly, Mark | 0002 | MTC-00018009
Connor, G. | 0001 | MTC-00000541
Connor, G. | 0001 | MTC-00023828
Connor, Kate | 0001 | MTC-00019417
Connors, William | 0003 | MTC-00016660
Conover, Sterling | 0001 | MTC-00012637
Conrad, Bill | 0001 | MTC-00031451
Conrad, Christopher | 0001 | MTC-00017659
Conrad, Don | 0001 | MTC-00008794
Conrad, E.S., Jr. | 0001 | MTC-00009655
Conrad, Earl H. | 0001 | MTC-00011932
Conrad, Ken | 0001 | MTC-00026947
Conrad, M ichael | 0001 | MTC-00012840
Conrad, Sara | 0001 | MTC-00029127
Conrad, Tom | 0001 | MTC-00005284
Conroy, Chris | 0001 | MTC-00014285
Consilvio, Steve | 0001 | MTC-00000365
Constant, Giles | 0001 | MTC-00000576
Constant, Giles | 0001 | MTC-00009361
Constant, Robert | 0001 | MTC-00004601
Constantine, John | 0002 | MTC-00004021
Constantine, John A. | 0002 | MTC-00003666
Consuegra, Mark | 0001 | MTC-00006450
Consumer Federation of America | 0125 | MTC-00028565
Consumers for Computing Choice | 0029 | MTC-00033613
Conte, Anthony | 0001 | MTC-00016005
Conte, Anthony R. | 0001 | MTC-00004402
Conte, Brian | 0001 | MTC-00003798
Conti, Reid | 0001 | MTC-00018723
Conti, Robert | 0002 | MTC-00007791
Contorer, Jay | 0001 | MTC-00007269
Contreras, Felipe | 0002 | MTC-00009468
Conver, Marc | 0002 | MTC-00022916
Convery, Robert and Myrta | 0001 | MTC-00007304
Conway, Carol | 0001 | MTC-00029947
Conway, Gerry | 0001 | MTC-00002942
Conway, Henrietta | 0002 | MTC-00033515
Conway, Lois | 0001 | MTC-00022961
Conway, M. | 0001 | MTC-00014989
Conway, Matt | 0001 | MTC-00021736
Conway, Matthew | 0001 | MTC-00003810
Conway, Richard | 0002 | MTC-00033261
Conway, Tim | 0001 | MTC-00016668
Cooch, Robert | 0002 | MTC-00033218
Cooey, Tosh | 0002 | MTC-00003497
Cooherhm@ aol.com | 0001 | MTC-00005817
Cook, Andrew | 0001 | MTC-00004686
Cook, Brent | 0001 | MTC-00016113
Cook, Brian | 0001 | MTC-00001980
Cook, Carl A. | 0001 | MTC-00022541
Cook, Dale | 0002 | MTC-00014719
Cook, David | 0002 | MTC-00026648
Cook, Debra | 0001 | MTC-00000105
Cook, Eric | 0001 | MTC-00016295
Cook, Eugene | 0002 | MTC-00014696
Cook, Gerald | 0001 | MTC-00024929
Cook, Glenn | 0001 | MTC-00022436
Cook, James | 0001 | MTC-00023824
Cook, James | 0001 | MTC-00004274
Cook, Jason | 0001 | MTC-00022535
Cook, Jason | 0001 | MTC-00025409
Cook, Jerry | 0001 | MTC-00022820
Cook, Jesse | 0001 | MTC-00011048
Cook, Joan Nims | 0001 | MTC-00011754
Cook, Joan Nims | 0001 | MTC-00026000
Cook, John | 0002 | MTC-00006272
Cook, John | 0001 | MTC-00001869
Cook, Karl | 0001 | MTC-00001378
Cook, Margaret | 0001 | MTC-00022604
Cook, Mary Pilcher | 0001 | MTC-00029629
Cook, Mindi | 0001 | MTC-00029677
Cook, Mr. | 0001 | MTC-00023097
Cook, Ross | 0002 | MTC-00031411
Cook, Thom | 0001 | MTC-00006403
Cook, Thomas | 0001 | MTC-00026548
Cook, Thomas T. | 0001 | MTC-00003875
Cook, William | 0001 | MTC-00025927
Cook, William | 0001 | MTC-00013097
Cook, William | 0001 | MTC-00008800
Cooke, Darlene | 0002 | MTC-00030479
Cooke, Randall | 0001 | MTC-00000687
Cooke, Ronald R. | 0010 | MTC-00027858
Cooke, Ronald R. | 0010 | MTC-00025027
cookiegramma@ juno.com | 0001 | MTC-00025206
Cooksey, Patricia R. | 0001 | MTC-00029957
Cooley, Fran | 0001 | MTC-00004000
Cooley, Richard | 0001 | MTC-00013135
Cooley, Steve | 0001 | MTC-00012827
Cooley, Steve | 0001 | MTC-00003617
Cooley, William B. | 0001 | MTC-00031833
Coolfr3ak | 0002 | MTC-00013155
Coolidge, Theodore | 0001 | MTC-00019044
Cooman, Ted M. | 0003 | MTC-00004825
Coombs, James | 0001 | MTC-00011729
Cooms, Chip | 0001 | MTC-00015838
Coon, Charles | 0001 | MTC-00008992
Coon, Charles | 0001 | MTC-00019846
Cooney, Chris | 0001 | MTC-00019501
Coons, James C. | 0001 | MTC-00006459
Cooper, Ben | 0001 | MTC-00003556
Cooper, Carolyn | 0001 | MTC-00026103
Cooper, Charles | 0001 | MTC-00012313
Cooper, Charles | 0001 | MTC-00020906
Cooper, David | 0002 | MTC-00009523
Cooper, Gwendell | 0001 | MTC-00027752
Cooper, Jeff | 0001 | MTC-00001276
Cooper, Jeff | 0001 | MTC-00013331
Cooper, Mendel | 0001 | MTC-00003595
Cooper, Owen | 0001 | MTC-00026720
Cooper, Richard | 0001 | MTC-00015439
Cooper, Richard | 0001 | MTC-00001716
Cooper, Roger | 0001 | MTC-00032885
Cooper, Ron | 0002 | MTC-00018149
Cooper, S. | 0001 | MTC-00019940
Cooper, Shawn | 0001 | MTC-00026689
Cooper, Tom | 0002 | MTC-00009606
Cooper, Tony | 0001 | MTC-00000922
Cooperman, Marcia | 0001 | MTC-00029103
Cope, Michael | 0001 | MTC-00023418
Cope, Sean | 0001 | MTC-00005863
Copeland Jr, Richard D. | 0001 | MTC-00004775
Copeland, Alan | 0001 | MTC-00006065
Copeland, Arthur | 0001 | MTC-00000809
Copeland, Dan | 0001 | MTC-00026964
Copeland, Greg | 0001 | MTC-00016903
Copeland, James | 0001 | MTC-00025319
Copeland, Loretta | 0001 | MTC-00020878
Copeland, Randy | 0001 | MTC-00032751
Copeland, Richard | 0001 | MTC-00015373
Copenhagen, Keith | 0001 | MTC-00018119
Coperhaver, James H. | 0001 | MTC-00006865
Copits, Richard | 0001 | MTC-00001164
Copley, Larre | 0001 | MTC-00017023
Coppins, Mike | 0001 | MTC-00019264
Corayer, Chris | 0002 | MTC-00016544
Corayer, Chris | 0003 | MTC-00031814
Corbett, Daniel | 0001 | MTC-00004268
Corbett, Margaret | 0001 | MTC-00022644
Corbett, R. Ronald | 0001 | MTC-00021190
Corbett, Roger | 0001 | MTC-00032701
Corbett, Ron | 0001 | MTC-00031902
Corbett, Ronald R. | 0001 | MTC-00012152
Corbett, Sydney | 0001 | MTC-00012345
Corbett, Sydney | 0001 | MTC-00009298
Corbett, Syndey | 0001 | MTC-00021208
Corbin, Alvin | 0001 | MTC-00025454
Corbin, Michael | 0001 | MTC-00013241
Corbitt, Karen | 0001 | MTC-00023896
Corblis, R.J. | 0001 | MTC-00033049
Corboy, Sharon | 0001 | MTC-00009238
Corboy, Sharon | 0001 | MTC-00011501
Corboy, Sharon | 0001 | MTC-00026087
Corcia, Vito | 0001 | MTC-00006310
Corcodilos, Nick A. | 0001 | MTC-00005582
Corcoran, George | 0001 | MTC-00007629
Corcoron, John | 0001 | MTC-00031210
Corcuera, Julian | 0001 | MTC-00020555
Cordair, Quent | 0001 | MTC-00005350
Cordeiro, Brock N. | 0001 | MTC-00022172
Cordeiro, Brock N. | 0001 | MTC-00009950
Corden, Ben | 0001 | MTC-00015198
Cordero, Miguel | 0001 | MTC-00030080
Cordes, Alvin | 0001 | MTC-00022716
Cordes, Dana | 0001 | MTC-00003331
Cordes, Ruediger | 0001 | MTC-00002140
Cordon, Kenneth | 0001 | MTC-00029719
Cordova, Rebecca | 0001 | MTC-00016906
Cordts, W. J. | 0001 | MTC-00018628
Corea, Christine | 0001 | MTC-00028466
Corey, James | 0005 | MTC-00033408
Corey, James | 0004 | MTC-00023941
Cori, Lou | 0001 | MTC-00009431
Coriell, Bill | 0001 | MTC-00030557
Corkins, A. | 0002 | MTC-00024510
Corkins, Bob | 0001 | MTC-00030308
Corkins, Bob L. | 0002 | MTC-00024723
Corkrum, Robert | 0001 | MTC-00007736
Corkum, Robert | 0001 | MTC-00012821
Corlett, Jack | 0001 | MTC-00020379
Corlis, Philip | 0001 | MTC-00013082
Corliss, Sean | 0002 | MTC-00016042
Corman, Bob | 0001 | MTC-00014228
Cormier, John | 0001 | MTC-00020500
cornedog@ bellsouth.net | 0001 | MTC-00016012
Cornejo, Peter | 0003 | MTC-00014151
Cornelieus, W. J. | 0001 | MTC-00002670
Cornelisse, Terry | 0001 | MTC-00010265
Cornelius, Michael | 0001 | MTC-00021481
Cornelius, Shanon | 0001 | MTC-00020003
Cornell, Glen | 0001 | MTC-00019794
Cornell, Robert | 0001 | MTC-00010229
Corner, Lisa | 0001 | MTC-00024200
Cornett, Steven P. | 0001 | MTC-00015119
Cornette, Jim A. | 0001 | MTC-00002963
Corni, Dave | 0001 | MTC-00001610
Corning, Joshua | 0001 | MTC-00018297
Cornwall, Jim and Dolores | 0001 | MTC-00021056
Cornwell, Jim | 0001 | MTC-00008665
Cornwell, Kathryn | 0001 | MTC-00025864
Coro, Leo | 0001 | MTC-00005294
Coroalles, Manolo | 0002 | MTC-00029732
Corona, Coco | 0001 | MTC-00031964
Corona, Patricia | 0001 | MTC-00013010
Corona, Vicki | 0001 | MTC-00010128
Cororan, David | 0001 | MTC-00019020
Corp, Bebu | 0001 | MTC-00010559
Corradini, Andrew | 0002 | MTC-00003873
Corradino, Frank | 0001 | MTC-00032899
Corrado, Nick | 0001 | MTC-00007418
Corrado, Tony | 0001 | MTC-00007479
Corran, Art | 0001 | MTC-00019376
Correia, Brian | 0001 | MTC-00014096
Correla, Anthony | 0002 | MTC-00028673
Corrigan, Patrick H. | 0001 | MTC-00010830
Corriher, Thomas | 0003 | MTC-00026018
Corrin, Allan | 0001 | MTC-00008961
Corsaro, Robert | 0001 | MTC-00030960
Cortale, Joe | 0001 | MTC-00011159
Cortale, Joseph | 0001 | MTC-00010855
Cortale, Joseph | 0002 | MTC-00014083
cortath@ juno.com | 0001 | MTC-00028090
Cortese, Jack | 0001 | MTC-00008984
Cortese, Robert | 0002 | MTC-00003993
Cortesi, David | 0001 | MTC-00018094
Corthell, Stephen | 0002 | MTC-00014216
Corwin, Chris | 0001 | MTC-00020771
Corwin, Loyd | 0001 | MTC-00006897
Corwin, Phil | 0002 | MTC-00033076
Corwin, Steve | 0001 | MTC-00025683
Cory, Paul | 0002 | MTC-00018545
Cosand, Andrew J. | 0001 | MTC-00020007
Cosby, Shane | 0001 | MTC-00030402
Cosgrove, Nathaniel | 0001 | MTC-00017563
Coslor, Chris | 0001 | MTC-00017038
Cosman, John | 0001 | MTC-00032984
Cosper, Vallie | 0001 | MTC-00025846
Cost-Research Corporation | 0002 | MTC-00007214
Costa, Alfie | 0001 | MTC-00025747
Costa, Bill | 0002 | MTC-00017029
Costa, Mark G. | 0001 | MTC-00005191
Costello, Geoffrey | 0001 | MTC-00017053
Costello, John H. | 0001 | MTC-00014695
Costillo, Alex | 0002 | MTC-00004673
Costilow, Ralph and Mary | 0001 | MTC-00014524
Cote, Evelyn | 0001 | MTC-00026253
Cote, Francois | 0001 | MTC-00016340
Cotellese, Joe | 0001 | MTC-00017151
Cotey, Joe | 0001 | MTC-00025377
Cothran, Jeremy | 0001 | MTC-00015807
Cothrun, Chris | 0001 | MTC-00019422
Cotten, Nadalyn | 0001 | MTC-00026331
Cotti, Thomas | 0001 | MTC-00023420
Cottingham, Dave | 0001 | MTC-00020074
Cottle, Richard | 0001 | MTC-00021579
Cotton, Dave | 0001 | MTC-00023566
Cotton, Steven A. | 0002 | MTC-00031368
Cottongim, Virgil | 0001 | MTC-00024562
Cottrell, Amy | 0001 | MTC-00005683
Cottrell, Dennis | 0002 | MTC-00019394
Cottrill, Carole | 0001 | MTC-00010264
Couch, Blake | 0001 | MTC-00027527
Couey, Ronald | 0002 | MTC-00033641
Coughlin, Scott | 0001 | MTC-00016130
Coultas, Laury | 0001 | MTC-00021812
Coulter, Campbell | 0001 | MTC-00028952
Counselman, Chuck | 0001 | MTC-00001210
counterprt@ aol.com | 0001 | MTC-00017234
Counts, Jared | 0001 | MTC-00020146
Coupe, Andrew | 0002 | MTC-00011546
Courington, Mike | 0001 | MTC-00016160
Course, A. L. | 0001 | MTC-00006409
Courte, John | 0001 | MTC-00018055
Courter, Kris | 0001 | MTC-00021462
Courtney, Athol | 0002 | MTC-00019138
Courtney, Charles | 0001 | MTC-00004894
Courtney, Daryl | 0001 | MTC-00014709
Courtney, Macy | 0001 | MTC-00029208
Courtney, Wynn | 0001 | MTC-00029826
Cousins, Jay | 0001 | MTC-00023085
Coussens, Eugene | 0001 | MTC-00025045
Coussens, Jerry | 0001 | MTC-00006190
Coutermarsh, Mark | 0001 | MTC-00003211
Coutermarsh, Mark | 0002 | MTC-00030038
Coutinho, Mike | 0001 | MTC-00023609
Covalucci, William | 0001 | MTC-00033706
Covele, John | 0001 | MTC-00001204
Coveman, Tom | 0001 | MTC-00033813
Coveney, Ron | 0001 | MTC-00027785
Coventry, Russell | 0002 | MTC-00033029
Cover, Drew | 0002 | MTC-00002721
Covert, Allen | 0001 | MTC-00012858
Covey, Brian | 0001 | MTC-00003289
Covey, Matt | 0001 | MTC-00025502
Covin, Jonathan | 0001 | MTC-00015918
Cowan, Helen H. | 0001 | MTC-00013192
Cowan, John | 0002 | MTC-00025959
Cowan, Marylin | 0001 | MTC-00013770
Cowan, Micah | 0001 | MTC-00019145
Cowan, Tim | 0001 | MTC-00002278
Cowart, Rob | 0001 | MTC-00026101
Cowdery, C. | 0001 | MTC-00029913
Cowels, Captain Russell | 0001 | MTC-00027386
Cowen, Dave | 0002 | MTC-00026444
Cowhig, John | 0001 | MTC-00029353
Cowie, James | 0002 | MTC-00015333
Cowlishaw, James | 0001 | MTC-00020692
Cowlishaw, Mary Lou | 0001 | MTC-00030357
Cox, Aaron | 0001 | MTC-00018466
Cox, Billie | 0001 | MTC-00008396
Cox, Bonnie | 0002 | MTC-00002570
Cox, Clark | 0001 | MTC-00009673
Cox, Clif | 0001 | MTC-00024732
Cox, Curt | 0001 | MTC-00000759
Cox, Debra | 0001 | MTC-00020448
Cox, Dennis | 0001 | MTC-00025486
Cox, Eric | 0001 | MTC-00000930
Cox, Frank | 0001 | MTC-00018408
Cox, Gerald | 0002 | MTC-00007124
Cox, Howard W. | 0001 | MTC-00025509
Cox, Jacilyn | 0002 | MTC-00032481
Cox, Jack | 0001 | MTC-00015580
Cox, James | 0001 | MTC-00031082
Cox, James | 0001 | MTC-00030662
Cox, Jeff | 0001 | MTC-00020728
Cox, Jerry | 0001 | MTC-00013504
Cox, John | 0001 | MTC-00000260
Cox, John | 0001 | MTC-00000286
Cox, John R. | 0001 | MTC-00008782
Cox, Jud | 0001 | MTC-00021066
Cox, Jud | 0001 | MTC-00009941
Cox, Kenneth | 0002 | MTC-00013910
Cox, Larry | 0002 | MTC-00008083
Cox, Micah | 0001 | MTC-00018627
Cox, Paul | 0001 | MTC-00017462
Cox, Phillip | 0001 | MTC-00015875
Cox, Rich | 0001 | MTC-00016454
Cox, Rody P. | 0001 | MTC-00029025
Cox, Roger | 0003 | MTC-00025936
Cox, Roger | 0001 | MTC-00025713
Cox, Russell | 0001 | MTC-00029010
Cox, Stephen | 0001 | MTC-00020413
Cox, Steve | 0001 | MTC-00016860
Cox, Thomas | 0001 | MTC-00020273
Cox, Tim | 0001 | MTC-00013786
Cox, Timothy | 0001 | MTC-00001506
Cox, William | 0001 | MTC-00021616
Coxe, Rosanne | 0001 | MTC-00010137
Coy, Tim | 0001 | MTC-00009436
Coy, Timothy | 0002 | MTC-00033008
Coyle, J. | 0001 | MTC-00017257
Coyle, Joseph A. | 0001 | MTC-00007321
Coyle, Michael | 0005 | MTC-00031561
Coyle, Michael | 0001 | MTC-00016432
Coyle, Sean | 0001 | MTC-00002552
CpiCfo@ aol.com | 0002 | MTC-00008061
Crable, Robert | 0001 | MTC-00015072
Crabtree, Aaron | 0001 | MTC-00018853
Crabtree, Chris | 0001 | MTC-00010339
Crabtree, Doug | 0001 | MTC-00021895
Crabtree, Shane | 0001 | MTC-00012998
Cracknell, Stephen | 0002 | MTC-00005105
Craft, Brian | 0001 | MTC-00019937
Craft, Jim | 0001 | MTC-00005517
Craft, Judy | 0001 | MTC-00019260
Craft, Ray | 0001 | MTC-00029656
Crafton, Ana | 0001 | MTC-00007955
Cragar, D.G. | 0001 | MTC-00007866
Cragg, Daniel J. | 0001 | MTC-00018901
Cragin, Porter | 0002 | MTC-00009641
Cragoe, John H. | 0002 | MTC-00022389
Craig | 0001 | MTC-00026131
Craig | 0001 | MTC-00019751
Craig | 0001 | MTC-00027189
Craig, Dan | 0001 | MTC-00000521
Craig, David L. | 0002 | MTC-00004500
Craig, Sonny | 0001 | MTC-00006454
Craigen, Barry | 0003 | MTC-00004229
Craighead, Matt | 0004 | MTC-00013687
Craighead, Scot D. | 0001 | MTC-00023120
Cramblit, Joella | 0001 | MTC-00025964
Cramer, David | 0001 | MTC-00002425
Cramer, Douglas J. | 0002 | MTC-00001332
Cramer, Ed | 0001 | MTC-00022765
Cramer, Jim | 0001 | MTC-00021083
Cramer, Jim | 0001 | MTC-00033279
Cramer, LaMaia | 0001 | MTC-00018377
Cramer, Michael | 0002 | MTC-00032321
Cramer, Roger | 0002 | MTC-00025329
Cramer, Sam | 0001 | MTC-00001022
Cramer, Sam | 0001 | MTC-00019553
Cramer, Tim | 0001 | MTC-00013400
Cramer, Travis | 0001 | MTC-00027973
Crandall, David C. | 0001 | MTC-00009203
Crandall, Lelia P. | 0001 | MTC-00025833
Crandall, Steve | 0001 | MTC-00014717
Crandell, Mark | 0001 | MTC-00003665
Crane, Annette | 0001 | MTC-00009365
Crane, Dave | 0002 | MTC-00020422
Crane, Martin | 0001 | MTC-00021476
Cranford, Samuel K. | 0001 | MTC-00012763
Cranford, Stephen | 0001 | MTC-00000032
Cranney, Spencer A. | 0001 | MTC-00012043
Cranston, Charles B. | 0001 | MTC-00022110
Crash | 0001 | MTC-00019700
Crass, Michael | 0001 | MTC-00013004
Crass, Michael | 0001 | MTC-00020109
Crass, Michael | 0002 | MTC-00032206
Craton, Jeff | 0001 | MTC-00018567
Cratwright, Bruce | 0002 | MTC-00026428
Craven, John | 0001 | MTC-00002701
Cravens, Richard | 0001 | MTC-00015680
Crawford, Charles | 0001 | MTC-00010578
Crawford, Charles | 0001 | MTC-00021456
Crawford, Charles A. | 0001 | MTC-00029307
Crawford, Danny | 0001 | MTC-00000539
Crawford, Danny | 0001 | MTC-00002988
Crawford, Diane | 0001 | MTC-00008011
Crawford, Ed | 0001 | MTC-00003330
Crawford, Geraldine | 0001 | MTC-00022744
Crawford, Jack | 0001 | MTC-00014370
Crawford, Jack and Joan | 0001 | MTC-00017859
Crawford, Jim | 0001 | MTC-00021744
Crawford, Kyle | 0001 | MTC-00001438
Crawford, Kyle | 0001 | MTC-00025620
Crawford, Kyle | 0001 | MTC-00001936
Crawford, Leslie | 0001 | MTC-00026427
Crawford, Luke | 0001 | MTC-00022155
Crawford, Pauline | 0001 | MTC-00023709
Crawford, Susan | 0001 | MTC-00029291
Crawford, Toni | 0001 | MTC-00023705
Crawford, Wade | 0001 | MTC-00022947
Crawley | 0001 | MTC-00024437
Crawley, David B. | 0001 | MTC-00014145
Crawley, Shinita | 0001 | MTC-00003550
Craze, Brian | 0001 | MTC-00006513
Creamer, Chadwick | 0001 | MTC-00032577
Creamer, Rosalie | 0001 | MTC-00013028
Crean, Donald | 0001 | MTC-00012482
Crean, John | 0001 | MTC-00005515
Crean, John | 0001 | MTC-00025210
Credding | 0001 | MTC-00003128
Creech, Robert | 0002 | MTC-00008617
Creed, Michael | 0001 | MTC-00022170
Creedon, Ted | 0001 | MTC-00002372
Creedy, Rosemary | 0001 | MTC-00009506
Creighton, Bill | 0001 | MTC-00006808
Creighton, Mike | 0001 | MTC-00019827
creightonlvx@ juno.com | 0001 | MTC-00024798
Creitz, Joe | 0001 | MTC-00001941
Crenshaw, Jennifer | 0001 | MTC-00032664
Creotteau, B. S. | 0001 | MTC-00010598
Creson, Rick | 0001 | MTC-00010725
Cresse, Roselyn | 0001 | MTC-00021753
Cressey, Benjamin | 0001 | MTC-00017183
Cresswell, Elsie | 0001 | MTC-00012940
Crestodina, Clifford | 0001 | MTC-00002807
Crete, Oliver | 0001 | MTC-00016462
Crew, Karen L. | 0002 | MTC-00030049
Crews, Edna Earle | 0001 | MTC-00010535
Crews, Ford | 0001 | MTC-00017965
Crgjil@ aol.com | 0001 | MTC-00020710
Criag, Dorothy | 0001 | MTC-00001560
Criag, John | 0001 | MTC-00017119
Crider, Allen | 0001 | MTC-00019019
Crider, Maria | 0001 | MTC-00013007
Crighton, Margaret | 0001 | MTC-00028872
Crimin, Duane | 0002 | MTC-00033172
Cripps, Phillip | 0001 | MTC-00025220
Crisci, Vincent | 0001 | MTC-00020161
Crisp, Paul | 0001 | MTC-00013253
Crisp, Steven | 0001 | MTC-00024311
Crispian | 0001 | MTC-00014733
Crissman, Spencer | 0001 | MTC-00024217
Crist, Deborah | 0001 | MTC-00014065
Crist, Jason | 0001 | MTC-00017882
Crist, Michael A. | 0001 | MTC-00028408
Crist, Tommy | 0001 | MTC-00022443
Cristea, Eugen | 0001 | MTC-00010543
Cristina, Andy | 0001 | MTC-00027465
Criswell, Marty | 0001 | MTC-00023751
Crites, Bob | 0001 | MTC-00014048
Critser, Danny | 0001 | MTC-00023736
Crittenden, William J. | 0001 | MTC-00008262
crm14c@ optonline.net | 0001 | MTC-00016008
Croce, Louis | 0001 | MTC-00021817
Crocker, Glenn | 0001 | MTC-00016517
Crocker, Larry | 0001 | MTC-00026773
Crocker, Terence | 0002 | MTC-00013296
Crockett, London | 0001 | MTC-00012802
Crockett, Mary | 0001 | MTC-00010402
Crofoot, Jim | 0001 | MTC-00006972
Croft, Darren V. | 0001 | MTC-00018368
Crohan, Don and Gayle | 0001 | MTC-00028452
Crohen, Gayle | 0001 | MTC-00029800
Cromartie, Roy | 0001 | MTC-00015599
Cromie, James | 0002 | MTC-00018093
Cromie, Jim | 0001 | MTC-00017756
Cromley, Jake | 0001 | MTC-00016687
Crone, Joshua | 0001 | MTC-00016296
Crone, Parr | 0001 | MTC-00002017
Crone, William | 0001 | MTC-00026262
Cronen-Townsend, Stephen | 0001 | MTC-00022021
Crook, Joseph | 0001 | MTC-00016564
Crook, Thomas | 0003 | MTC-00025144
Crooks, Ian C. | 0001 | MTC-00009214
Crorin, Beau | 0001 | MTC-00018400
Crosby, Peter | 0001 | MTC-00023883
Crosby, Tom | 0001 | MTC-00024129
Crosby, Tom | 0002 | MTC-00027188
Cross, Don | 0001 | MTC-00006836
Cross, Donald | 0001 | MTC-00029138
Cross, Dustin | 0001 | MTC-00026827
Cross, Gary | 0001 | MTC-00032635
Cross, Henry | 0001 | MTC-00004143
Cross, Luci | 0001 | MTC-00010187
Cross, Megan Deon | 0002 | MTC-00025801
Cross, Nelson | 0001 | MTC-00006534
Cross, Robert | 0001 | MTC-00013940
Cross, William | 0001 | MTC-00018027
Cross, Zach | 0002 | MTC-00005215
Crossfield, Henry | 0001 | MTC-00020621
Crossland, Clyde | 0001 | MTC-00001475
Crossley, Davejanatmsn@ msn.com | 0001 | MTC-00021983
Crosslin, James | 0002 | MTC-00032355
Crossno, Gary | 0001 | MTC-00017992
Crosswhite, Jason | 0002 | MTC-00018075
Crosswhite, Ralph | 0001 | MTC-00009906
Crosswhite, Thomas | 0002 | MTC-00033134
Crotty, David | 0001 | MTC-00015808
Crotty, Nancy | 0001 | MTC-00026476
Crouch, Cliff | 0002 | MTC-00001775
Crouch, Cliff | 0002 | MTC-00014704
Crouch, Mick | 0001 | MTC-00017547
Crouch, Sheila Renee | 0001 | MTC-00024850
Crouse, Kerry | 0001 | MTC-00018663
Crow, Barb | 0001 | MTC-00024991
Crow, Jak | 0001 | MTC-00000283
Crow, Jak | 0001 | MTC-00002173
Crow, Richard | 0001 | MTC-00002870
Crow, Russell | 0001 | MTC-00004008
Crowder, William | 0001 | MTC-00012699
Crowder, William | 0001 | MTC-00007378
Crowe, Will | 0002 | MTC-00022451
Crowell, H. | 0001 | MTC-00027870
Crowell, Harry | 0001 | MTC-00021645
Crowell, Harry | 0001 | MTC-00003879
Crowell, Harry | 0001 | MTC-00009677
Crowell, Harry | 0001 | MTC-00011331
Crowell, Sheryle | 0001 | MTC-00013528
Crowley, Duane | 0001 | MTC-00003181
Crowley, Joseph | 0002 | MTC-00014849
Crows, Harry | 0001 | MTC-00006913
Croy001@ umn.edu | 0001 | MTC-00028647
Croyle, Aaron | 0001 | MTC-00024746
Crozier, Michael | 0001 | MTC-00028785
Cruet, John | 0001 | MTC-00002150
Cruise, Dennis | 0001 | MTC-00018504
Cruise, Juan | 0002 | MTC-00004077
Crull, Robert John | 0002 | MTC-00025042
Crum, Richard | 0001 | MTC-00010024
Crum, Richard | 0001 | MTC-00024157
Crumbling, Lynn | 0001 | MTC-00014981
Crumley, Jim | 0001 | MTC-00022984
Crumley, Jim | 0001 | MTC-00008656
Crumley, Jim | 0001 | MTC-00030280
Crump, Alfred W. | 0002 | MTC-00031830
Crump, Bev and Morris | 0001 | MTC-00027936
Crump, Dick | 0001 | MTC-00009747
Crumpacker, William | 0001 | MTC-00006176
Crumpacker, William J. | 0001 | MTC-00031848
Crumpacker, William P. | 0001 | MTC-00013629
Crushing | 0001 | MTC-00015371
cruss1408@ msn.com | 0001 | MTC-00026251
Cruz, Ildefonso | 0001 | MTC-00001637
Cruz, Ildefonzo | 0001 | MTC-00001634
Cruz, Joaquin | 0001 | MTC-00020323
csachs@ skuld.innoved.org | 0001 | MTC-00013839
CShank5585@ aol.com | 0001 | MTC-00010354
csickscj@ rose-hulman.edu | 0001 | MTC-00024776
CSina@ juno.com | 0001 | MTC-00010398
CSSSYS@ attglobal.net | 0001 | MTC-00003133
Ctagliafer@ aol.com | 0001 | MTC-00026280
ctgregl@ juno.com | 0001 | MTC-00010347
CTJ592@ aol.com | 0001 | MTC-00008000
ctrizogl@ cisco.com | 0001 | MTC-00028120
cu8@ juno.com | 0001 | MTC-00010877
Cuanesma, Jobertito | 0002 | MTC-00021106
Cubbage, Jim | 0001 | MTC-00019412
Cuddihy, Scott | 0001 | MTC-00005698
Cuddihy, Scott | 0001 | MTC-00010352
Cuddihy, Scott | 0001 | MTC-00022292
Cuddihy, Scott; Di'Antonio, Karen; Sowah, Syl; Parris, Jim; Parris, Jeff | 0001 | MTC-00022333
Cuddiny, Scott | 0001 | MTC-00007705
cudell@ aol.com | 0001 | MTC-00024297
Cueroni, Lee | 0001 | MTC-00008911
Cueto, John N. | 0001 | MTC-00019819
Cuff, Philip | 0001 | MTC-00023636
Culberson, Jerry | 0001 | MTC-00032665
Culbertson, Richard | 0001 | MTC-00026619
Culbertson, Thomas | 0001 | MTC-00021174
Culham, Carol | 0001 | MTC-00021192
Cull, Jay | 0001 | MTC-00005695
Cullen, Athony | 0001 | MTC-00027647
Cullen, Larry | 0001 | MTC-00002872
Cullen, Peter | 0001 | MTC-00015753
Cullers, Bret | 0001 | MTC-00015613
Cullum, Alistar | 0001 | MTC-00017451
Culp, Charles N. | 0001 | MTC-00023584
Culp, Harold | 0001 | MTC-00020690
Culpepper, Sharon | 0001 | MTC-00024045
Culver, Brian | 0001 | MTC-00002734
Culver, David | 0001 | MTC-00024308
Culver, John | 0002 | MTC-00033254
Culverhouse, mark | 0001 | MTC-00023412
Cumbest, Don | 0001 | MTC-00020140
Cumley, Oliver and Anna | 0001 | MTC-00029192
Cumming, Nice | 0001 | MTC-00000784
Cummingham, Cal | 0001 | MTC-00031402
Cummings, Delbert | 0002 | MTC-00033045
Cummings, Don | 0001 | MTC-00012970
Cummings, Don | 0002 | MTC-00014258
Cummings, Ed | 0001 | MTC-00011248
Cummings, Lee | 0001 | MTC-00023441
Cummings, Lord J.A. | 0001 | MTC-00027016
Cummings, Nan | 0001 | MTC-00027202
Cundell, Toby | 0001 | MTC-00021680
Cunneen, Greg | 0001 | MTC-00004946
Cunningham, Brian | 0001 | MTC-00017596
Cunningham, Carl | 0001 | MTC-00022115
Cunningham, Dale M. | 0001 | MTC-00013464
Cunningham, Diane | 0001 | MTC-00013559
Cunningham, Gene | 0001 | MTC-00026707
Cunningham, Greg | 0002 | MTC-00022917
Cunningham, Joseph P. | 0002 | MTC-00030122
Cunningham, Josephine | 0001 | MTC-00009498
Cunningham, Michael | 0001 | MTC-00031505
Cunningham, Phil | 0001 | MTC-00009961
Cunningham, Robert | 0001 | MTC-00005747
Cunningham, Suzanne | 0001 | MTC-00031371
Cunningham, William | 0001 | MTC-00030791
Cuny, David | 0001 | MTC-00017581
Cupp Jr. Gary D. | 0001 | MTC-00015480
Cupples, Jerry | 0002 | MTC-00003412
Cure, Doug | 0001 | MTC-00021791
Curey, Bryan | 0002 | MTC-00030738
Curley, Robert | 0002 | MTC-00033052
Curlyle, Christopher | 0001 | MTC-00031218
Curren, Dale | 0001 | MTC-00020538
Current User | 0001 | MTC-00001045
Current, Andy | 0001 | MTC-00002125
Current, John | 0001 | MTC-00005063
Currico, Donald Jr. | 0001 | MTC-00025755
Currie, Bob | 0001 | MTC-00024397
Currie, Jacquelyn | 0001 | MTC-00032871
Currie, Jr., R. Lee | 0001 | MTC-00033692
Currie, S. | 0001 | MTC-00032903
Currie, Scott | 0002 | MTC-00027401
Currier, Nathan Woods | 0001 | MTC-00018895
Curry, Keys | 0001 | MTC-00001583
Curry, Milton T. | 0001 | MTC-00027118
Curry, Rick | 0001 | MTC-00004005
Curry, Robert | 0002 | MTC-00033212
Curtin, Steve | 0001 | MTC-00023766
Curtis Jr., Kenneth J. | 0001 | MTC-00018585
Curtis, Benjamin | 0002 | MTC-00028499
Curtis, Bob | 0001 | MTC-00009331
Curtis, Bradley | 0001 | MTC-00010183
Curtis, Dennis | 0001 | MTC-00030977
Curtis, E. C. | 0001 | MTC-00005595
Curtis, Gary | 0001 | MTC-00024843
Curtis, Gray | 0002 | MTC-00027831
Curtis, Jeffrey | 0001 | MTC-00018542
Curtis, Matt | 0001 | MTC-00017364
Curtis, Michael | 0001 | MTC-00030178
Curtis, Mike | 0001 | MTC-00001217
Curtis, Rich | 0001 | MTC-00018923
Curtis, Robert | 0001 | MTC-00021773
Curtis, Stanley | 0001 | MTC-00028967
Curtis, Toni | 0002 | MTC-00033135
Curtiss, Jeanne K. | 0001 | MTC-00017286
Curtiss, Priest, W. | 0002 | MTC-00028801
Cusack, Gerald W. | 0001 | MTC-00011898
Cusgrove, Kevin | 0001 | MTC-00022998
Cushman, Clifford | 0001 | MTC-00031137
Cushman, Grace | 0001 | MTC-00012676
Cushman, Ted | 0003 | MTC-00019825
Cusick, Carolyn | 0001 | MTC-00033580
Cusick, Roseanne | 0001 | MTC-00012979
Cusumaro, Charles | 0001 | MTC-00001393
Cutcher, Phyllis & Hal | 0001 | MTC-00011715
cutememery@ yahoo.com | 0001 | MTC-00026432
Cuth, John | 0001 | MTC-00012593
cutlassla@ aol.com | 0001 | MTC-00001302
Cutleinth, Duron | 0001 | MTC-00031641
Cutler, David | 0001 | MTC-00017553
Cutler, Dedra | 0001 | MTC-00020643
Cutler, Joni M. | 0003 | MTC-00030817
Cutler, Tracey | 0001 | MTC-00029533
Cuto, Harry | 0001 | MTC-00031248
Cutshaw, Dianne | 0001 | MTC-00006864
cutterb@ juno.com | 0001 | MTC-00011113
Cuyar, Joyce | 0001 | MTC-00011457
Cuyar, Joyce | 0001 | MTC-00006123
cwhyble37@ juno.com | 0001 | MTC-00010921
cwolk01@ juno.com | 0001 | MTC-00011299
cww@ westling.com | 0002 | MTC-00000267
Cwynar, Ann | 0001 | MTC-00006045
Cwynar, William R. | 0001 | MTC-00009879
Cygan, Pat | 0001 | MTC-00032825
Cym98gz@ aol.com | 0001 | MTC-00007818
Cynthiasdesigns@ aol.com | 0001 | MTC-00011683
Cyrill, Frank P. Jr. | 0001 | MTC-00008236
cyvalco@ juno.com | 0001 | MTC-00028063
Czaja, John | 0001 | MTC-00002482
Czarny, Peter | 0001 | MTC-00002360
Czebotar, James B. | 0002 | MTC-00002739
Czechowicz, Darek | 0001 | MTC-00010504
Czern, George | 0002 | MTC-00019326
Czerw, George | 0002 | MTC-00019279
Czop, Thomas S. | 0001 | MTC-00006451
D'Agostino, Mark | 0002 | MTC-00032286
D'Agotino, Gregory M | 0002 | MTC-00030093
D'Alessandro, John J. | 0001 | MTC-00013536
D'Alessio, Janet | 0001 | MTC-00020966
D'Aloia, John Jr. | 0001 | MTC-00031024
D'Ambrosio, Ken | 0002 | MTC-00009567
D'amico, gerard | 0001 | MTC-00030985
D'amour, Claude | 0001 | MTC-00013878
D'Andrade, RAde | 0001 | MTC-00025239
D'Andrea, Anthony | 0003 | MTC-00011232
D'Andrea, Anthony | 0003 | MTC-00032082
D'Angeli, Frank | 0002 | MTC-00009543
D'Angeli, Frank | 0001 | MTC-00001408
D'angeli, Frank | 0001 | MTC-00009887
D'Angelo, Dario | 0001 | MTC-00014490
D'Aquin, Darryl | 0002 | MTC-00032038
D'Attomo, Anthony | 0002 | MTC-00005545
D'Esterhazy, Helene K. | 0001 | MTC-00027955
D'Ovidio, Edward | 0001 | MTC-00012287
D'Ovidio, Edward | 0001 | MTC-00029219
D'Souza, David | 0001 | MTC-00025971
D.J. | 0001 | MTC-00006374
Da Cunha, Mark | 0004 | MTC-00008545
dabailey@ neuboyern.net | 0001 | MTC-00016352
Daccus Productions | 0001 | MTC-00013137
Dace, David | 0001 | MTC-00026071
Dacey, Ken | 0001 | MTC-00008962
Dachs, Howard | 0001 | MTC-00031377
Daconta, Michael | 0002 | MTC-00005043
DaCosta, Linda | 0001 | MTC-00023110
Dadam2 | 0001 | MTC-00007722
DADANS22@ aol.com | 0001 | MTC-00008257
Dadds, Sammy | 0002 | MTC-00002644
Dadio | 0001 | MTC-00022717
Daethe@ aol.com | 0001 | MTC-00023599
Dafal, David | 0001 | MTC-00015598
dag474—2000@ yahoo.com | 0001 | MTC-00028091
Dagget, Dennis C. | 0002 | MTC-00028358
Daggett, Dennis | 0001 | MTC-00029833
Daggett, Susan | 0001 | MTC-00021126
Dague, Ron | 0001 | MTC-00021468
Dahl, James K. | 0001 | MTC-00005970
Dahl, Dave | 0001 | MTC-00001174
Dahl, Dave | 0001 | MTC-00001178
Dahl, Dave | 0001 | MTC-00023617
Dahl, James K. | 0001 | MTC-00023762
Dahl, Jim and Wanda | 0001 | MTC-00009088
Dahl, Lewis | 0001 | MTC-00005305
Dahlager, Dale | 0001 | MTC-00007912
Dahlberg, Robert and Carol | 0001 | MTC-00032384
Dahlberg, Robert L. | 0001 | MTC-00008776
Dahlen, Ulf | 0001 | MTC-00014468
Dahlgard, Karen | 0001 | MTC-00028369
Dahlin, Clyde | 0001 | MTC-00006932
Dahlman | 0001 | MTC-00017114
DaHud80 | 0001 | MTC-00025251
Daigger, Roger | 0002 | MTC-00032224
Daigger, Roger | 0002 | MTC-00032492
Dailey, Charlie | 0001 | MTC-00002023
Dailey, Paul F. | 0001 | MTC-00000337
Dailey, Tarrell E. | 0001 | MTC-00012817
Dain, Paul | 0001 | MTC-00024858
Dainard, Greg | 0001 | MTC-00000345
DaisyAnne | 0001 | MTC-00000518
DAK7592@ juno.com | 0001 | MTC-00010920
Dakan, Pete | 0002 | MTC-00032967
dakawjot | 0001 | MTC-00029458
Dalal, Nayan | 0001 | MTC-00012776
dalcorn@ localhost.localdomain | 0001 | MTC-00015860
Dale, Aaron | 0001 | MTC-00016477
Dale, Ed | 0001 | MTC-00017199
Dale, Ed | 0005 | MTC-00017475
Dale, Marjorie | 0001 | MTC-00025716
Dale, Mark | 0001 | MTC-00006617
Dale, Robert C. | 0001 | MTC-00025231
Dale, Sheila | 0001 | MTC-00014293
Dale, Steve | 0001 | MTC-00021340
dalehanks@ juno.com | 0001 | MTC-00010424
Dalen, Greg | 0004 | MTC-00002375
Daleo, Rosemary | 0002 | MTC-00033237
Daley, Catherine | 0001 | MTC-00021220
Daley, George F. | 0001 | MTC-00006772
Daley, Kat | 0002 | MTC-00012398
Daley, Mary | 0001 | MTC-00010709
Daley, Shawn | 0001 | MTC-00019269
Daley, Troy | 0001 | MTC-00016226
Daley, Troy | 0001 | MTC-00016190
Dalia, Apuna | 0001 | MTC-00011972
Dalla, Chris | 0001 | MTC-00021757
Dallara, Louis T. | 0001 | MTC-00019636
dallascowboys@ juno.com | 0001 | MTC-00028239
Dallmeyer, Scott | 0001 | MTC-00029344
DALNNA@ aol.com | 0001 | MTC-00007458
Daltob@ aol.com | 0001 | MTC-00019258
Dalton, Carey | 0001 | MTC-00017582
Dalton, Ed | 0001 | MTC-00025657
Dalton, Edan | 0001 | MTC-00017354
Dalton, Gary | 0001 | MTC-00012466
Dalton, John G. | 0001 | MTC-00027827
Dalton, Mark | 0002 | MTC-00002847
Dalton, Neal | 0001 | MTC-00029126
Dalton, Norris | 0001 | MTC-00011080
Dalton, Paul | 0001 | MTC-00003985
Dalton, Robert | 0001 | MTC-00020272
Dalton, Stephen | 0001 | MTC-00020481
Dalton, Tony | 0001 | MTC-00009917
Daly, John | 0001 | MTC-00004900
Daly, Laura | 0001 | MTC-00020122
Daly, Ronald O. | 0001 | MTC-00006419
Daly, Thomas B. | 0001 | MTC-00028743
Daly, Tim | 0006 | MTC-00000307
Damberger, Bernhard | 0001 | MTC-00018494
Damberger, Fred | 0002 | MTC-00024111
Dambra, John | 0001 | MTC-00009532
Dambrosky, Lee | 0001 | MTC-00010351
Damer, Steve | 0001 | MTC-00016325
Damian | 0001 | MTC-00015025
Damianakes, Dave | 0001 | MTC-00016277
Damiarakes, Dave | 0001 | MTC-00016263
Damm, Ryan | 0002 | MTC-00024444
Damner, Philip | 0001 | MTC-00008168
Damon, Dan | 0001 | MTC-00011444
Damon, Daniel | 0001 | MTC-00003225
Damour, James A. | 0002 | MTC-00003968
Dampier, Stephen | 0002 | MTC-00001534
Damrau, Paul | 0001 | MTC-00020642
Damron, Peter | 0001 | MTC-00024689
Dan | 0001 | MTC-00013139
dan | 0001 | MTC-00024058
Dan | 0001 | MTC-00022622
dan@ apl.washington.edu | 0001 | MTC-00010923
dan@ sof.ch | 0002 | MTC-00000848
Danaher, Frank | 0001 | MTC-00008686
Danaher, Frank | 0001 | MTC-00010810
Danaher, Frank | 0001 | MTC-00021061
Danby, Ian | 0001 | MTC-00003789
Danckavert, Paul | 0001 | MTC-00015735
Dandini, M. | 0001 | MTC-00000674
Danford, Robert | 0001 | MTC-00017349
DAngeli, Frank | 0001 | MTC-00000216
danhayes42@ hotmail.com | 0001 | MTC-00014339
Daniel Aaron | 0002 | MTC-00000866
Daniel, Jerry | 0001 | MTC-00001185
Daniel, Matthew L. | 0001 | MTC-00017006
Daniel, Sam | 0002 | MTC-00003075
Daniell, Graham | 0001 | MTC-00005355
Daniell, Jeff | 0001 | MTC-00011044
Daniels, Burkhard | 0001 | MTC-00009578
Daniels, Dale | 0001 | MTC-00007519
Daniels, Dean | 0001 | MTC-00024901
Daniels, Dennis | 0001 | MTC-00014859
Daniels, Jackie | 0001 | MTC-00012414
Daniels, Janus | 0001 | MTC-00000962
Daniels, Kent | 0001 | MTC-00000232
Daniels, Leonard P. | 0001 | MTC-00021719
Daniels, Tom | 0001 | MTC-00016077
daniels@ cniinternet.net | 0001 | MTC-00011423
Danielson, Miguel C. | 0002 | MTC-00011256
Danielson, Ruth ANn | 0001 | MTC-00025791
Danies, Tim (038) Sharon | 0001 | MTC-00009882
Danis, Gary | 0001 | MTC-00031230
Dankovits, Kris | 0001 | MTC-00024451
Danneburg, Walter | 0001 | MTC-00022742
Dannecker, Tom | 0001 | MTC-00023474
DanNelis@ aol.com | 0001 | MTC-00002296
Danner, Curtis | 0001 | MTC-00020870
Danny | 0001 | MTC-00000925
Danny | 0001 | MTC-00015969
Danohoe, Mark | 0002 | MTC-00029172
Dansby, Wade F. | 0001 | MTC-00000395
dansereaurj@ msn.com | 0001 | MTC-00017307
Dante6249@ aol.com | 0001 | MTC-00007439
Danzinger, David | 0001 | MTC-00025587
Darby, Patricia | 0001 | MTC-00020495
darcee@ juno.com | 0001 | MTC-00010434
Dardis, Greg | 0001 | MTC-00023256
Darfus, George H. | 0001 | MTC-00027471
Darger, Jerry | 0002 | MTC-00032152
Dargin, Jim | 0001 | MTC-00027129
Darilek, Brant | 0001 | MTC-00002336
darklord@ wt6.usdoj.gov | 0002 | MTC-00005026
Darling, Dan | 0001 | MTC-00009132
Darling, John T. | 0001 | MTC-00008130
Darnall, Ralph | 0001 | MTC-00008652
darnasar@ bu.edu | 0001 | MTC-00014581
Darnel, Jonathan | 0001 | MTC-00021295
Darnell, Ralph | 0001 | MTC-00027803
Darnielle, Lalitree | 0001 | MTC-00015398
Darr, John | 0001 | MTC-00005893
Darr, John | 0001 | MTC-00021354
Darrah, Pamela | 0001 | MTC-00021141
Darrell | 0001 | MTC-00021366
Darrenbacker, Todd | 0001 | MTC-00015543
Darrow, Darby Lee | 0001 | MTC-00001565
Darrow, Logan | 0001 | MTC-00006760
DarStwrt@ aol.com | 0001 | MTC-00008795
Dartez, Paul | 0001 | MTC-00012427
Daryl Nash | 0001 | MTC-00019705
Dasano, Stephen F. | 0001 | MTC-00031488
Dasaro, Janet | 0001 | MTC-00012551
Dasaro, Janet | 0001 | MTC-00031503
Dasaro, Stephen | 0001 | MTC-00031502
Dasaro, Stephen F. | 0001 | MTC-00009050
Dasaro, Stephen F. | 0001 | MTC-00011996
DaSilva, Herb | 0002 | MTC-00016702
DaSilva, Jose | 0002 | MTC-00004559
DaSilva, Tom | 0001 | MTC-00008602
daslowpoke@ hotmail.com | 0001 | MTC-00017250
Dassow, Rice | 0001 | MTC-00009312
Daswani, Sushrel | 0001 | MTC-00015858
Datta, Robin | 0001 | MTC-00005214
Datta, Robin | 0002 | MTC-00020471
Dattilo, Trey | 0001 | MTC-00000955
Dau, Brian & Miranda | 0001 | MTC-00024599
Dau, Jamie | 0001 | MTC-00024020
Dau, Sandra | 0001 | MTC-00023368
Dau, Thomas | 0001 | MTC-00026834
Daub, John | 0001 | MTC-00016460
Daubenspeck, Darren | 0001 | MTC-00018700
Daudelin, M.E. | 0002 | MTC-00027421
Daudelin, Mary E. | 0002 | MTC-00026176
Daudelion, Mary E. | 0002 | MTC-00033532
Dauer, A. Allan | 0001 | MTC-00026852
Daugherty, Delores | 0001 | MTC-00026038
Daugherty, Donald | 0001 | MTC-00016416
Daugherty, Hubert | 0001 | MTC-00005002
Daugherty, Michael | 0001 | MTC-00026041
Daugherty, Paul C. | 0001 | MTC-00003242
Daugherty, Ray W. | 0003 | MTC-00025734
Daugherty, Vergil | 0001 | MTC-00031829
Daugherty, Wesley | 0002 | MTC-00033146
Daul, Bill | 0001 | MTC-00023266
Daupert, Dennis | 0001 | MTC-00024485
Dauphine, Richard | 0001 | MTC-00005140
davcarl@ aol.com | 0001 | MTC-00009086
Dave | 0001 | MTC-00015754
dave | 0001 | MTC-00013349
Dave | 0001 | MTC-00028794
Dave | 0001 | MTC-00020060
Dave | 0001 | MTC-00018343
dave@ smtp2.chorus.net | 0001 | MTC-00019526
Davenport, Larry | 0001 | MTC-00005106
Davenport, Randy | 0001 | MTC-00024148
Davenport, Richard | 0001 | MTC-00029233
DaveRaab@ aol.com | 0001 | MTC-00006356
David | 0001 | MTC-00000919
David | 0001 | MTC-00031680
David | 0001 | MTC-00020960
David Hershberger | 0001 | MTC-00019746
David Lantz@ amway.com | 0001 | MTC-00000469
David S | 0001 | MTC-00012161
David, Brian | 0001 | MTC-00030002
David, Claude | 0001 | MTC-00011035
David, David | 0001 | MTC-00023525
David, John | 0001 | MTC-00023989
david29101 | 0001 | MTC-00021374
david@ amozonherb.com | 0001 | MTC-00010346
david@ wt6.usdoj.gov | 0002 | MTC-00002630
davidj@ chsengineers.com | 0001 | MTC-00021977
davidlsiegel@ aol.com | 0001 | MTC-00010358
Davids, Oscar | 0001 | MTC-00032613
Davidson, Beverly | 0001 | MTC-00008572
Davidson, Bill | 0001 | MTC-00006490
Davidson, Carolyn | 0002 | MTC-00027677
Davidson, Darryl | 0002 | MTC-00017611
Davidson, J. Greg | 0001 | MTC-00000780
Davidson, James Gregory | 0001 | MTC-00018640
Davidson, Jennifer | 0001 | MTC-00009830
Davidson, Julie | 0001 | MTC-00027158
Davidson, Matthew | 0001 | MTC-00016716
Davidson, Mike | 0001 | MTC-00013683
Davidson, Ronnie | 0001 | MTC-00013397
Davidson, Tom | 0001 | MTC-00012590
Davidson, Tom | 0001 | MTC-00000159
Davidson< Gareth | 0001 | MTC-00020515
Daviduk, Matthew | 0001 | MTC-00007900
Davies, Benjamin | 0001 | MTC-00003724
Davies, Bill | 0001 | MTC-00024888
Davies, Elizabeth B. | 0001 | MTC-00008405
Davies, John R. | 0001 | MTC-00019136
Davies, Tony | 0001 | MTC-00033837
Davila, Fidel | 0002 | MTC-00004473
Davilla, Scott D. | 0001 | MTC-00015592
davindavid@ juno.com | 0001 | MTC-00012758
Davis Jr., Leland | 0001 | MTC-00007146
Davis, Al | 0005 | MTC-00025794
Davis, Allen | 0001 | MTC-00002695
Davis, Allen | 0001 | MTC-00003565
Davis, Andrew | 0001 | MTC-00009797
Davis, Angela | 0002 | MTC-00030116
Davis, Arnold | 0001 | MTC-00009541
Davis, Barbara J. | 0001 | MTC-00005836
Davis, Bill | 0001 | MTC-00017459
Davis, Bill | 0001 | MTC-00012887
Davis, Blair | 0001 | MTC-00001140
Davis, Bob | 0001 | MTC-00016605
Davis, Brad | 0001 | MTC-00005209
Davis, Bruce | 0001 | MTC-00029357
Davis, Bryan | 0001 | MTC-00017160
Davis, Cameron | 0001 | MTC-00011851
Davis, Charles | 0001 | MTC-00026088
Davis, Charles | 0001 | MTC-00032070
Davis, Charles W. | 0001 | MTC-00032239
Davis, Charles R. | 0001 | MTC-00022767
Davis, Charlotte | 0001 | MTC-00025737
Davis, Chris | 0001 | MTC-00015638
Davis, Chris | 0001 | MTC-00000646
Davis, Chuck | 0001 | MTC-00000121
Davis, Cindy | 0001 | MTC-00030229
Davis, Colin | 0001 | MTC-00017670
Davis, Dan | 0001 | MTC-00024099
Davis, David | 0002 | MTC-00011611
Davis, Debbie | 0001 | MTC-00021803
Davis, Debbie | 0001 | MTC-00009547
Davis, Diane | 0001 | MTC-00020503
Davis, Diane | 0001 | MTC-00020506
Davis, Diane P. | 0001 | MTC-00030417
Davis, Don | 0001 | MTC-00015980
Davis, Don | 0001 | MTC-00016107
Davis, Don | 0001 | MTC-00016115
Davis, Don | 0001 | MTC-00006225
Davis, Donn | 0001 | MTC-00007392
Davis, Elemora | 0001 | MTC-00025520
Davis, F. Michael | 0001 | MTC-00031352
Davis, Gavin | 0001 | MTC-00012935
Davis, Harvey | 0001 | MTC-00026471
Davis, Heath | 0002 | MTC-00002128
Davis, Heath | 0002 | MTC-00013283
Davis, J. | 0006 | MTC-00001016
Davis, Jack | 0001 | MTC-00032804
Davis, James | 0001 | MTC-00022642
Davis, James | 0001 | MTC-00022643
Davis, James R. and Eileen | 0001 | MTC-00007314
Davis, Janet | 0001 | MTC-00023376
Davis, Jared | 0001 | MTC-00010589
Davis, Jay | 0001 | MTC-00008644
Davis, Jeff | 0002 | MTC-00003429
Davis, Jeffrey | 0001 | MTC-00019083
Davis, Jeffrey | 0004 | MTC-00019104
Davis, Jerame | 0001 | MTC-00001593
Davis, Jerry | 0002 | MTC-00003466
Davis, Jerry | 0001 | MTC-00004860
Davis, Jimmy | 0001 | MTC-00003399
Davis, Joel | 0001 | MTC-00008833
Davis, John | 0001 | MTC-00026266
Davis, John | 0001 | MTC-00030103
Davis, John | 0001 | MTC-00007547
Davis, John | 0001 | MTC-00011881
Davis, Joseph | 0001 | MTC-00006497
Davis, Joshua | 0001 | MTC-00027614
Davis, Kelly | 0001 | MTC-00001499
Davis, Kenneth Lee | 0001 | MTC-00013908
Davis, Kirk | 0001 | MTC-00014789
Davis, LaVada | 0001 | MTC-00020648
Davis, Leland | 0001 | MTC-00001049
Davis, Lorraine | 0001 | MTC-00022942
Davis, Mark | 0001 | MTC-00027847
Davis, Maurice | 0002 | MTC-00004901
Davis, Morris | 0001 | MTC-00030932
Davis, N. W. | 0001 | MTC-00026803
Davis, Nathaniel | 0001 | MTC-00020038
Davis, Norman | 0002 | MTC-00033512
Davis, Peter | 0001 | MTC-00020223
Davis, Radford | 0001 | MTC-00017036
Davis, Richard | 0001 | MTC-00031111
Davis, Richard A. | 0002 | MTC-00022510
Davis, Rick | 0001 | MTC-00002513
Davis, Rick | 0001 | MTC-00027774
Davis, Rob | 0001 | MTC-00032322
Davis, Ron | 0001 | MTC-00017569
Davis, Ronald | 0002 | MTC-00010840
Davis, Ronald G. | 0001 | MTC-00025263
Davis, Ruth | 0001 | MTC-00022384
Davis, Samuel | 0002 | MTC-00031868
Davis, Shawn | 0001 | MTC-00024190
Davis, Stephanie | 0001 | MTC-00011593
Davis, Suzanne | 0001 | MTC-00007988
Davis, T. Ron | 0001 | MTC-00010823
Davis, Tom | 0002 | MTC-00003037
Davis, Tom | 0001 | MTC-00015921
Davis, Tony | 0001 | MTC-00009480
Davis, Troy | 0002 | MTC-00003957
Davis, Verlyn | 0002 | MTC-00025330
Davis, Walter | 0003 | MTC-00001289
Davis, William | 0001 | MTC-00008512
Davis, William | 0001 | MTC-00032088
Davis, William A. | 0001 | MTC-00013092
Davis, WIlliam J. | 0002 | MTC-00001245
davisbm@ purdue.edu | 0001 | MTC-00003602
Davison, Scott | 0001 | MTC-00013171
Davison, Ty | 0001 | MTC-00001221
Davlin, Jim | 0001 | MTC-00005081
Dawes, scott | 0003 | MTC-00027778
Dawley, Michael | 0001 | MTC-00003357
Dawsno, Paul Dow | 0001 | MTC-00030550
Dawson, Don | 0001 | MTC-00017347
Dawson, Gary | 0001 | MTC-00008551
Dawson, John | 0002 | MTC-00000597
Dawson, John | 0001 | MTC-00020530
Dawson, Matt | 0001 | MTC-00031595
Dawson, Michael S.A. | 0001 | MTC-00003671
Dawson, Rick | 0001 | MTC-00015051
Dawson, Sanuel | 0001 | MTC-00031788
Day, Bob | 0001 | MTC-00006834
Day, Brian | 0001 | MTC-00006631
Day, Bruce P. | 0001 | MTC-00005861
Day, Christopher | 0002 | MTC-00013795
Day, David | 0001 | MTC-00006036
Day, David | 0001 | MTC-00024316
Day, Fred | 0001 | MTC-00000707
Day, Gordon | 0001 | MTC-00007236
Day, James | 0001 | MTC-00031501
Day, James | 0003 | MTC-00014791
Day, Jason | 0001 | MTC-00024195
Day, Jim | 0001 | MTC-00026385
Day, John | 0001 | MTC-00006144
Day, Lawrence | 0001 | MTC-00026067
Day, Mahria | 0001 | MTC-00009055
Day, Mariah | 0001 | MTC-00002156
Day, Rick | 0001 | MTC-00006844
Day, Robert | 0002 | MTC-00005021
Day, Teresa D. | 0001 | MTC-00007410
Day, William | 0001 | MTC-00019876
Day-Lyon, Karen | 0001 | MTC-00023089
dayna.wh@ windhamhills.com | 0001 | MTC-00024785
DBC1998@ aol.com | 0001 | MTC-00008126
Dbeis, Mortesir | 0002 | MTC-00028278
dben341144@ aol.com | 0001 | MTC-00009054
dbirmingham | 0001 | MTC-00021396
dbnee@ mc.net | 0001 | MTC-00028247
dbor77@ hotmail.com | 0001 | MTC-00012747
Dbrandt881@ aol.com | 0001 | MTC-00006041
DBrandz881@ aol.com | 0001 | MTC-00006790
dbuckley@ clevelandgear.com | 0001 | MTC-00025208
dbwhite@ quixnet.net | 0001 | MTC-00024282
dbyrd@ mcomposites.com | 0001 | MTC-00028167
Dcasola@ aol.com | 0001 | MTC-00023308
DCBLCC@ aol.com | 0001 | MTC-00007219
dchadwell@ executive.com | 0001 | MTC-00028594
dcidave@ powerweb.net | 0001 | MTC-00014314
dcmcder@ swbell.net | 0001 | MTC-00028605
dcrab@ aol.com | 0001 | MTC-00021952
ddanh2000@ yahoo.com | 0001 | MTC-00010377
ddd153@ psu.edu | 0001 | MTC-00028651
ddp2000@ tds.net | 0001 | MTC-00008567
De Alvare, Louis R. | 0001 | MTC-00027956
De Angelis, Renata | 0001 | MTC-00006684
De Blois, Anne | 0002 | MTC-00024964
De Campo, Teruel | 0001 | MTC-00026028
De Cave, Gerry | 0001 | MTC-00009544
De Croix, Victor | 0001 | MTC-00022180
De Fazio, Joe | 0001 | MTC-00029050
De Galzain, Jean | 0001 | MTC-00002692
de Gaul, Archon | 0001 | MTC-00020070
de Graaf, Bruce | 0001 | MTC-00019588
De Graaf, Randy | 0001 | MTC-00007388
De Haan, Christopher | 0001 | MTC-00004892
De Jong, Phil | 0001 | MTC-00006927
De Jonge, Rund | 0001 | MTC-00005799
De La Cruz, Aharon | 0001 | MTC-00014459
de Leon, Herbert | 0001 | MTC-00022705
de los Santos, Richard | 0001 | MTC-00020514
De Marco, Alfonse | 0001 | MTC-00012227
De Piano, Frank | 0001 | MTC-00031731
De Ridder, Steven | 0001 | MTC-00020996
De Roos, Dick | 0001 | MTC-00002032
de Sharengrad, Ragnar | 0001 | MTC-00007764
De Smet, Alan | 0002 | MTC-00020119
De Souza, Noel | 0001 | MTC-00014857
De Stefano, Paul | 0002 | MTC-00020225
De Uries, Nico | 0001 | MTC-00001138
De Ville, Alan | 0001 | MTC-00012270
De Vita, Louis | 0001 | MTC-00005932
De Vos, Eelko | 0001 | MTC-00001147
De Wolf, Peter | 0001 | MTC-00004169
Deahl, Richard | 0001 | MTC-00029230
Deakin, Brandt | 0001 | MTC-00016112
Deal, Connie | 0001 | MTC-00028040
Deal, Eric | 0002 | MTC-00003935
Dean Chouinard | 0001 | MTC-00019748
Dean, Daniel | 0001 | MTC-00013210
Dean, Drew | 0003 | MTC-00024642
Dean, Jeff | 0001 | MTC-00024898
Dean, John | 0002 | MTC-00011682
Dean, Malcolm | 0001 | MTC-00023992
Dean, Malcom | 0001 | MTC-00002921
Dean, Mike | 0001 | MTC-00018438
Dean, Robert | 0001 | MTC-00019125
Dean, Tom | 0001 | MTC-00009309
Deane, Ian | 0002 | MTC-00001336
deane-o@ msn.com | 0001 | MTC-00028199
deanhajr@ att.net | 0001 | MTC-00026353
deanr@ avisloans.com | 0001 | MTC-00024268
Deans, Jason | 0001 | MTC-00029839
Deans, Jason | 0001 | MTC-00030052
Deasy, Neil | 0001 | MTC-00015266
deathtar@ aol.com | 0001 | MTC-00025741
Debbie | 0001 | MTC-00006666
Debbin, Thomas D. | 0001 | MTC-00008215
DeBeradino, Anthony | 0001 | MTC-00010967
DeBerry, Stphen | 0001 | MTC-00023507
Debo, Jurgen | 0002 | MTC-00002848
DeBois, Bryan | 0001 | MTC-00008391
DeBois, Dean | 0001 | MTC-00009717
DeBolt, Virginia | 0001 | MTC-00003817
DeBona, Dave | 0002 | MTC-00005584
Debonis, Jon | 0001 | MTC-00012718
DeBrett, Charles | 0001 | MTC-00032918
DeBrota, David | 0001 | MTC-00007853
DeCarlo, Lou | 0001 | MTC-00021968
Deceiver | 0001 | MTC-00001990
DeChaine, James | 0001 | MTC-00012994
DeChaine, Tom | 0001 | MTC-00029552
DeChiara, Chris | 0001 | MTC-00022281
DeCicco, Anthony | 0002 | MTC-00027857
Deck, Jack | 0002 | MTC-00031482
Deckard, Christopher N. | 0001 | MTC-00027451
Decker, Bill | 0001 | MTC-00021078
Decker, Donald | 0002 | MTC-00028461
Decker, Max | 0001 | MTC-00031920
Decker, Wes | 0001 | MTC-00000863
Deckert, Mark | 0001 | MTC-00018029
DeClarie, Alton | 0001 | MTC-00008026
DeClerck, Dan | 0002 | MTC-00024422
Decoulos, James J. | 0002 | MTC-00024005
Dede, Vrenon | 0002 | MTC-00027320
DeDeVoire, Jeff | 0001 | MTC-00016440
deDinechin, Christophe | 0001 | MTC-00016837
DeDominic | 0001 | MTC-00010186
Dedrick, D. A. | 0001 | MTC-00018440
Dee, Avery E. | 0001 | MTC-00001183
Deed, Robert | 0001 | MTC-00020989
Deehr, Jim | 0001 | MTC-00002800
Deems, Zackery D. | 0002 | MTC-00000225
Deen, David | 0001 | MTC-00016595
Dees, Chris | 0002 | MTC-00003780
Deeter, Derek | 0002 | MTC-00018655
Deez, Smac | 0001 | MTC-00018233
Defelice, Bill | 0002 | MTC-00004767
Defendorf, Len | 0001 | MTC-00023694
DeFer, Jesse | 0001 | MTC-00016321
DeFilippo, Ronald | 0001 | MTC-00020521
DeFlick@ iHi.com | 0001 | MTC-00011806
DeFord, David | 0002 | MTC-00030642
Deford, David | 0002 | MTC-00030224
deForest, Dan | 0001 | MTC-00021000
DeForrest, Norman | 0001 | MTC-00023253
DeFoy, Don | 0001 | MTC-00025385
DeGarmo, Glen | 0001 | MTC-00009903
Degenhardt, Brian | 0001 | MTC-00017400
Degering, Harvey | 0001 | MTC-00003383
Deggansr@ mbxinc.com | 0001 | MTC-00010861
Degler, Stephen | 0001 | MTC-00026960
DeGraaf, David A. | 0001 | MTC-00003886
DeGraaf, Stuart R. | 0003 | MTC-00004537
DeGrands, Joel | 0001 | MTC-00014722
Degrift, Craig | 0001 | MTC-00016348
DeGroff, Helen B. | 0001 | MTC-00011804
DeGroot, Don | 0002 | MTC-00014025
DeGrow, Dan L. | 0001 | MTC-00029565
deGruchy, Luke | 0002 | MTC-00021683
Dehaan, Cody | 0001 | MTC-00003464
DeHaven, Beth | 0001 | MTC-00025549
Dehazo, Maureen | 0001 | MTC-00030204
Dehekker, Steve | 0001 | MTC-00011518
Dehghan, David | 0001 | MTC-00025145
Dehmer, Ed | 0001 | MTC-00026305
Dehmer, William | 0001 | MTC-00029205
Deibler, Patricia | 0001 | MTC-00029271
Deighan, William | 0001 | MTC-00002370
Deignan, Paul | 0001 | MTC-00006124
Deitschman, Gary | 0002 | MTC-00033307
DeJager, Everett | 0002 | MTC-00033234
Dejako, Florian | 0001 | MTC-00002247
DeJong, MIchael | 0001 | MTC-00001757
DeJong, Michael | 0002 | MTC-00014429
DeJonge, Ken | 0001 | MTC-00012154
Dekany, Richard | 0001 | MTC-00007057
Dekema, Russell Edward | 0001 | MTC-00017357
Dekker, Adrian | 0002 | MTC-00032439
Dekker, Adrian J. | 0002 | MTC-00032142
Dekker, Tom | 0001 | MTC-00032771
Dekkers, Ing | 0002 | MTC-00020930
Del Castillo, Carlos | 0002 | MTC-00020698
Del Degan, Sarah | 0002 | MTC-00005787
Del Huerto, Robert | 0001 | MTC-00015493
Del Medico, Nicholas | 0001 | MTC-00003862
Del Vecchio, Giuseppe | 0001 | MTC-00006935
Del Vecchio, Matt | 0001 | MTC-00011346
Delahaut, Donald L. | 0002 | MTC-00029640
Delahaut, Dorald | 0003 | MTC-00028924
Deland, Rosemary | 0001 | MTC-00008107
Delaney, Charles | 0001 | MTC-00029284
Delaney, Christopher | 0001 | MTC-00015770
Delaney, Ed | 0001 | MTC-00012574
Delaney, Jeanne | 0001 | MTC-00026275
Delaney, Larry | 0001 | MTC-00009139
Delaney, Larry | 0001 | MTC-00032403
Delaney, Robert F. | 0001 | MTC-00012764
deLange, Frank | 0003 | MTC-00024688
Delano, Mike | 0001 | MTC-00020749
DeLassus, Joe | 0001 | MTC-00019857
Deleon, Jose | 0001 | MTC-00002806
Delgado, Albert | 0001 | MTC-00003742
Delgado, Albert | 0001 | MTC-00028687
Delgado, Urbano | 0001 | MTC-00026824
Deliduka, Thomas | 0001 | MTC-00002469
DeLima, Luiz | 0001 | MTC-00000598
DeLima, Luiz | 0001 | MTC-00008079
Delio, Richard M | 0004 | MTC-00009789
DeLisse, Daniel | 0001 | MTC-00002086
Dell, Ken | 0001 | MTC-00026257
Dell, Robert | 0001 | MTC-00030686
Dell, Thomas | 0001 | MTC-00029410
Deller, Bill | 0002 | MTC-00019755
Dellert, Brian | 0002 | MTC-00018697
Dellicker, Harry | 0002 | MTC-00015487
Dellinger, David | 0001 | MTC-00001570
Delmolino, C. M. | 0001 | MTC-00006402
Delmolino, M. F. | 0001 | MTC-00006677
Delmonte, Tom | 0002 | MTC-00009894
Delmonte, Tom | 0002 | MTC-00032526
Delong, Jim | 0001 | MTC-00014710
Delong, Jim | 0006 | MTC-00024426
Delong, Owen | 0002 | MTC-00023065
Delory, David | 0001 | MTC-00030506
Delos Santos, Dayny | 0001 | MTC-00023887
Delos Santos, Justin | 0001 | MTC-00023884
Delos Santos, Lina | 0001 | MTC-00023885
DeLuca, M. A. | 0002 | MTC-00016127
Deluca, Salvatore | 0002 | MTC-00030239
Deluca, Veronica | 0002 | MTC-00030250
Deluce, Ron | 0001 | MTC-00020228
DelYaer, Alexander | 0001 | MTC-00033585
DeMar, Paul | 0001 | MTC-00008422
DeMarco, Mary | 0001 | MTC-00021782
DeMarcus, Joan B. | 0001 | MTC-00010539
DeMaria, Paul | 0001 | MTC-00031440
DeMario, Louis B. | 0001 | MTC-00030814
Demark, Ken | 0001 | MTC-00029037
Demartini, James | 0002 | MTC-00032215
DeMas, Nicole | 0001 | MTC-00009405
DeMatteo, Teri | 0001 | MTC-00027062
Dembry, Paul | 0002 | MTC-00022084
Dembski, Mike | 0001 | MTC-00020884
Demeritt, Gabi | 0001 | MTC-00031405
Deming, Richard | 0001 | MTC-00032950
demland | 0010 | MTC-00007735
Demopoulos, Dimitri C. | 0001 | MTC-00008786
DeMorrow, Mary Jo | 0001 | MTC-00002186
Dempsey, Bill | 0001 | MTC-00000111
DeMpss, Irene | 0001 | MTC-00012363
DeMpss, Irene | 0001 | MTC-00029130
Demsky, Lynn | 0001 | MTC-00020696
Denardo, Joseph N. | 0001 | MTC-00007496
DeNardo, Sam | 0001 | MTC-00005993
Denbow, Eugene | 0001 | MTC-00011850
Denbus, Dolores | 0001 | MTC-00029313
Deneen, Bob | 0001 | MTC-00006558
eneen, Robert N. | 0001 | MTC-00021692
Denenberg, Marat | 0001 | MTC-00013388
Deng, Xiang Min | 0001 | MTC-00012911
Dengel, Daniel | 0001 | MTC-00008360
Denhardt, Bob | 0002 | MTC-00017695
Denheyer, Brian | 0001 | MTC-00001127
Denholm, John | 0006 | MTC-00020663
Denholtz, Mike | 0001 | MTC-00022308
Denholtz, Mike | 0001 | MTC-00005909
DeNinno, John A. | 0001 | MTC-00003947
Denino, George | 0002 | MTC-00001262
Denker, Amber | 0001 | MTC-00001691
Denman, Tom | 0002 | MTC-00024610
Denmark, William | 0001 | MTC-00032624
Dennett, Pete | 0001 | MTC-00015786
Denney, Bill | 0001 | MTC-00019266
Denney, Richard | 0001 | MTC-00006478
Denning, Deloy | 0001 | MTC-00009508
Denning, Michael | 0001 | MTC-00026547
Denninston, Peter | 0002 | MTC-00022620
Dennis | 0002 | MTC-00009426
Dennis, Bill | 0001 | MTC-00026991
Dennis, Don | 0002 | MTC-00010756
Dennis, Donald E. | 0002 | MTC-00031113
Dennis, Earl | 0001 | MTC-00020338
Dennis, Eric | 0001 | MTC-00009590
Dennis, Hal | 0001 | MTC-00008829
Dennis, Hal | 0001 | MTC-00014027
Dennis, Jason | 0001 | MTC-00011602
Dennis, Ryan | 0001 | MTC-00021546
Dennis, William D. | 0002 | MTC-00019920
Dennison, Jeff | 0001 | MTC-00007473
Dennison, Jeff | 0001 | MTC-00002974
Dennison, Jim | 0002 | MTC-00033270
Denniston, Denny | 0001 | MTC-00023044
Denniston, Susan | 0002 | MTC-00026277
Denniy, Chris | 0001 | MTC-00023583
Denny | 0001 | MTC-00023910
Denny | 0001 | MTC-00033394
Denny Napier | 0001 | MTC-00019744
Denny, Cleve B. | 0001 | MTC-00007581
Denny, John | 0001 | MTC-00009850
Deno, Richard | 0001 | MTC-00028341
Deno, Rick | 0001 | MTC-00008051
Denoy, David | 0001 | MTC-00007122
denrosep@ juno.com | 0001 | MTC-00028225
Densham, Pen | 0002 | MTC-00009092
Densham, Pen | 0001 | MTC-00001592
Densmore, Brian | 0001 | MTC-00004436
Densmore, Brian | 0005 | MTC-00011093
Denson, Daniel | 0001 | MTC-00016997
Denterlein, Geri | 0002 | MTC-00029916
Denton, Jennifer | 0001 | MTC-00020693
Denton, Richard | 0001 | MTC-00026077
Denton, Sam | 0001 | MTC-00015834
Denton, Tricia; Denton, Steve; Koch, Ron; Koch, Luis | 0004 | MTC-00031966
Dentz, Gerald | 0001 | MTC-00011326
Denuel, Paul J. | 0001 | MTC-00009112
Denver, D. | 0001 | MTC-00025966
DePardo, Brian | 0001 | MTC-00019374
DePaul, Anthony | 0001 | MTC-00030487
Depeo, John | 0001 | MTC-00023425
Deptula, Elaine | 0001 | MTC-00005633
Derby, Dan | 0001 | MTC-00026162
Derby, Dan | 0001 | MTC-00026159
DeRemer, Franklin | 0002 | MTC-00033189
Derenthal, Holly | 0001 | MTC-00032629
Derentz, Landon | 0001 | MTC-00029420
DeReuil, Barbara | 0001 | MTC-00013012
Deri, Justin | 0002 | MTC-00018303
Deriau, Lisa J. | 0001 | MTC-00028249
Derickson, Mark | 0001 | MTC-00022927
Derks, Jesse J. | 0001 | MTC-00002843
Dernoncourt, Wayne | 0001 | MTC-00021665
DeRosa, Brian | 0001 | MTC-00017832
DeRosa, Mike | 0001 | MTC-00012769
DeRose, Libbie and Bob | 0001 | MTC-00013333
DeRoshia, Dixie | 0001 | MTC-00008043
Deroshia, Nicholas | 0001 | MTC-00002477
Derr, Ben | 0001 | MTC-00015087
Derricott, Mark | 0001 | MTC-00022775
Derrig, John R. | 0003 | MTC-00032589
Desai, Chetan | 0002 | MTC-00008493
DeSario, Chuck | 0001 | MTC-00009640
Desaulniers, Gilles | 0002 | MTC-00009356
DeSchene, Kevin | 0002 | MTC-00011648
Deschenes, Raymond | 0001 | MTC-00009149
DeShann, Barbara | 0001 | MTC-00000025
Deshazo, Claude V. | 0001 | MTC-00030171
Deshmukh, Rahul | 0001 | MTC-00003216
Desjardins, Mike | 0001 | MTC-00014912
DeSlippe, Donna E. | 0001 | MTC-00019987
Deslippe, Michael Paul | 0003 | MTC-00004058
Desmedt, Donald | 0001 | MTC-00020529
Desmond Jr., Sammy E. | 0001 | MTC-00031957
Desmond, Sam | 0002 | MTC-00022070
Desnoyers, Peter | 0002 | MTC-00022417
DeSpain, David R. | 0001 | MTC-00012819
DeSpain, Edward | 0002 | MTC-00023272
Despirito, Emilio | 0001 | MTC-00032835
Dessertfox@ juno.com | 0001 | MTC-00024806
DeStafeno, Ross M. | 0002 | MTC-00004749
Destafeno, Ross M. | 0001 | MTC-00020136
det1124@ aol.com | 0001 | MTC-00021341
Deterding, Pastor | 0001 | MTC-00022725
Deterding, Paul | 0001 | MTC-00022730
Detert, Jonathan C. | 0001 | MTC-00017202
Detert, Miriam | 0001 | MTC-00032364
Detert, Miriam A. | 0001 | MTC-00005207
Detherow, Don | 0001 | MTC-00013731
DeTinne, David | 0001 | MTC-00017573
Detlefsen, Mike | 0001 | MTC-00025125
Detloff, Sally | 0001 | MTC-00009638
DeTrag, Paul | 0001 | MTC-00007459
Detskey, Peter Z. | 0001 | MTC-00008700
Dettne, John W. | 0003 | MTC-00028533
Deucher | 0001 | MTC-00016807
Deutsch, George J. | 0001 | MTC-00010266
dev@ aamv.net | 0001 | MTC-00015978
DeVaan, Herb & Loretta | 0001 | MTC-00008286
DeVault, Steven | 0001 | MTC-00016022
Deveaux, Chris | 0002 | MTC-00003030
Deveney, Louise | 0002 | MTC-00020407
Devereaix. Keam | 0001 | MTC-00014751
DeVerne, Jacobsen | 0001 | MTC-00011347
devicwise@ hotmail.com | 0001 | MTC-00028072
Devine, Dan | 0002 | MTC-00017369
DeVinney, Jason | 0001 | MTC-00024412
DeVito, Louis | 0001 | MTC-00011773
Devlin, Eric | 0001 | MTC-00011155
Devlin, Frank | 0001 | MTC-00025119
Devnull, Slash | 0001 | MTC-00027394
DeVoar, Gale | 0001 | MTC-00022478
DeVoar, Gale | 0001 | MTC-00012942
Devolites, Jeannemarie | 0001 | MTC-00030216
DeVous, Phillip W. | 0003 | MTC-00031739
DeVries, Danny | 0001 | MTC-00032583
DeVries, Denny | 0001 | MTC-00032626
DeVries, Denny | 0001 | MTC-00008372
DeVries, Ernie | 0002 | MTC-00024455
Devries, Peter | 0001 | MTC-00026921
DeVry, George | 0001 | MTC-00021590
Dew, Beverley M. | 0001 | MTC-00031640
Dew, Matt | 0001 | MTC-00016955
Dew, Robert | 0001 | MTC-00008936
Dewald, J. Gahlord | 0001 | MTC-00024122
Dewalt, Ryan | 0002 | MTC-00025202
DeWalt, Stephen | 0001 | MTC-00032385
Dewar, Warren | 0001 | MTC-00006161
Deweese, Peter | 0001 | MTC-00015450
Dewey, Mike | 0002 | MTC-00004519
Dewire, Robert & Carol | 0001 | MTC-00008041
DeWitt, James | 0001 | MTC-00022646
DeWitt, Maureen | 0001 | MTC-00022058
Dewitz, Thomas | 0001 | MTC-00003413
DeWolf, Andre | 0002 | MTC-00001870
DeWolf, John | 0001 | MTC-00010867
DeWolf, John t. | 0001 | MTC-00007363
Dexter, Pardon N. | 0001 | MTC-00030351
Dexy, Dex | 0001 | MTC-00016049
DeYoung, Forest | 0001 | MTC-00003268
Dezubay, Egon | 0001 | MTC-00031012
dfa42@ hotmail.com | 0001 | MTC-00010464
dfessen@ tetranet.net | 0001 | MTC-00010878
dflex@ worldbank.org | 0001 | MTC-00028638
dfrank@ satx.rr.com | 0001 | MTC-00012741
dgcj4 | 0001 | MTC-00012081
dgriffith@ gdhro.com | 0001 | MTC-00011624
dgsfox@ aol.com | 0001 | MTC-00008732
Dharm, Matthew | 0001 | MTC-00018177
dhber@ cadeuce.com | 0002 | MTC-00000482
Dhillon, Apperjit | 0001 | MTC-00017634
Dhillon, Jesse | 0004 | MTC-00018333
dhoy1@ hoy1consulting.com | 0001 | MTC-00014571
DHScoggin@ aol.com | 0001 | MTC-00010548
dhughes@ admin1.umaryland.edu | 0001 | MTC-00010336
Dhwan, Prem | 0001 | MTC-00011656
Di Cianno, Armando | 0001 | MTC-00017963
Diaeger, Christel | 0001 | MTC-00029761
Diakov, Lobo | 0002 | MTC-00023937
Dial, Cheri | 0001 | MTC-00007201
Dial, Linda | 0001 | MTC-00032045
Dials, Jon | 0001 | MTC-00007956
Diamante, Marc | 0001 | MTC-00027373
Diament, Judah | 0001 | MTC-00003820
Diamond, Howard | 0001 | MTC-00027738
Diamond, Jay M. | 0001 | MTC-00032008
Diamond, Linda | 0001 | MTC-00029859
Diamond, Richard | 0002 | MTC-00010837
Diamond, Stan | 0001 | MTC-00001816
Diamond, Steven | 0002 | MTC-00029860
dianejacob@ yahoo.com | 0001 | MTC-00010930
Diapadon@ webtv.net | 0001 | MTC-00015975
Diaz, Carlos | 0001 | MTC-00007914
Diaz, Jose | 0001 | MTC-00030194
Diaz, Stephen A. | 0001 | MTC-00008865
Dibble, Thomas | 0002 | MTC-00032898
DiBello, Michael | 0001 | MTC-00029690
DiBeredetto, R. | 0001 | MTC-00011843
DiBiase, Marco | 0001 | MTC-00011878
DiBiase, Paul | 0001 | MTC-00022048
DiBlasi, Rich | 0001 | MTC-00010249
Dibowitz, Phil | 0001 | MTC-00023251
Dick, Christopher | 0001 | MTC-00003340
Dick, H | 0001 | MTC-00011692
Dick, Johnathan | 0001 | MTC-00017877
Dick, Keith | 0001 | MTC-00013537
Dickenson, Gerald P. Jr. | 0002 | MTC-00031471
Dickerman, Dan | 0001 | MTC-00003516
Dickerson, David | 0001 | MTC-00022966
Dickerson, Roger | 0002 | MTC-00018256
Dickerson, Tom | 0002 | MTC-00013760
Dickey, Alan | 0001 | MTC-00017434
Dickinson, Stan | 0001 | MTC-00009932
Dickison, Rod | 0001 | MTC-00020231
Dickman, Matt | 0001 | MTC-00003212
Dickmeyer, Linda | 0001 | MTC-00032072
Dickson, Brian | 0001 | MTC-00028972
Dickson, Brian | 0002 | MTC-00028950
DIckson, Kevin | 0002 | MTC-00019892
Dickson, Robert | 0001 | MTC-00020352
Didelot, Christian | 0001 | MTC-00013701
Diebler, Michael | 0001 | MTC-00022764
Dieckert, Joe | 0001 | MTC-00002980
Dieckman, Mary Ann | 0001 | MTC-00028810
Diederich, Dana | 0001 | MTC-00019844
Diedrichs, John R. | 0001 | MTC-00020409
Diefferbach, Otto | 0001 | MTC-00008193
Diegel, Jules | 0001 | MTC-00022139
Diehl, Erin | 0002 | MTC-00010993
Diehl, Rose | 0002 | MTC-00031601
Diehl, Thomas | 0001 | MTC-00004741
Diehl, V. Louise | 0001 | MTC-00021843
Dier, Duane | 0001 | MTC-00011760
Dier, Scott M. | 0002 | MTC-00026480
Diersbock, Marcus | 0004 | MTC-00030670
Diersbock, Markur | 0003 | MTC-00003766
Diesel | 0001 | MTC-00023787
Diesing, Duane | 0001 | MTC-00025743
Diesner, Gerhard | 0001 | MTC-00026683
Dieterich, Thomas | 0001 | MTC-00033141
Dieterle, Brian | 0001 | MTC-00016650
Dietrich, David | 0001 | MTC-00031038
Dietrichson, Lars Fredrik | 0001 | MTC-00021722
Dietzel, Dennis | 0006 | MTC-00001738
Difatta, Peter | 0002 | MTC-00004350
digger160@ msn.com | 0001 | MTC-00014527
DiGiovanni, Dave | 0003 | MTC-00023676
DiGiovanni, Lucio | 0001 | MTC-00010545
DiGiovanni, Lucio | 0001 | MTC-00008554
digl@ gwl.com | 0002 | MTC-00021841
Digusted in Austin | 0001 | MTC-00001097
Dike, Reece | 0001 | MTC-00016293
Dikman, Robert | 0001 | MTC-00006074
dila813@ hotmail.com | 0001 | MTC-00011115
Dilawari, Gian | 0002 | MTC-00031744
Diley, John | 0001 | MTC-00024168
Dilger, David | 0001 | MTC-00003046
Dilkov, Neven | 0001 | MTC-00002735
Dill, Brent | 0001 | MTC-00017822
Dill, Thomas | 0001 | MTC-00011726
Dillard, Richard | 0001 | MTC-00024068
Dillard, Sandra | 0001 | MTC-00012499
Dillard, Sandra | 0001 | MTC-00009471
Dillard, Susan | 0002 | MTC-00029283
Diller, Franklyn | 0002 | MTC-00033003
Dilley, Michael | 0001 | MTC-00032959
Dilligan, Thomas | 0003 | MTC-00027335
Dillman, James Mitchell | 0001 | MTC-00012772
Dillon, Dale | 0001 | MTC-00008714
Dillon, James | 0001 | MTC-00022014
Dillon, Jamie | 0001 | MTC-00017538
Dillon, Larry | 0001 | MTC-00016455
Dillow, Barrett | 0001 | MTC-00015777
DiLuzio, Raphael | 0002 | MTC-00001880
Dimaiowood@ aol.com | 0001 | MTC-00029026
DiMarco, Peter | 0001 | MTC-00029526
Dimbrogno@ eshores.com | 0001 | MTC-00017271
Dimick, Denis | 0001 | MTC-00015772
Dimmel, Lynda | 0002 | MTC-00003418
Dimmitt, Herbert Bruce | 0001 | MTC-00014814
DiNardi, A. | 0001 | MTC-00009491
Dindy, Daivd | 0001 | MTC-00030300
Dingman, Melody | 0004 | MTC-00019241
Dingoian, George | 0002 | MTC-00005231
Dingoian, George G. | 0001 | MTC-00010307
Dingus, Doug | 0003 | MTC-00020346
Dingus, Samuel | 0001 | MTC-00020986
Dingwall, Harry A. and Donna E. | 0001 | MTC-00006640
Dink | 0001 | MTC-00019509
Dino | 0001 | MTC-00008531
Dinovo, Gene | 0001 | MTC-00025809
Dinsfried, Jack | 0001 | MTC-00009053
Dinsmore, Michael | 0001 | MTC-00015021
Dinyes, Will | 0001 | MTC-00019053
Diodati, Reg | 0002 | MTC-00025363
Dion, Bonnie | 0001 | MTC-00005669
Dion, Bonnie and John | 0001 | MTC-00021189
Dion, Tim | 0001 | MTC-00002833
DiPalma, Carol | 0001 | MTC-00031281
Dipasquale, Tobias | 0002 | MTC-00023838
DiPietro, John J. | 0001 | MTC-00030498
Diplock, David | 0001 | MTC-00024625
DippyDawg6@ aol.com | 0001 | MTC-00000855
Dire, Dave | 0001 | MTC-00025778
Dirkse, Anne | 0001 | MTC-00024480
Dirkson, Bart | 0001 | MTC-00020625
DiRocco, Arlene A. | 0001 | MTC-00008444
Discher, Robert | 0001 | MTC-00003065
Disher, Jeff | 0002 | MTC-00024737
Disparte, Frank L. | 0001 | MTC-00027257
Disparted, Frank | 0001 | MTC-00008842
Diss, Mat | 0001 | MTC-00020464
Dissen, Fred H. | 0002 | MTC-00010319
Distin, Ruth A. | 0001 | MTC-00026585
Dittenhafer, Dan | 0001 | MTC-00025246
Dittmer, Damian | 0001 | MTC-00002777
Dively, Cheryl | 0001 | MTC-00010212
Dively, Emory D. | 0001 | MTC-00013493
Divito, Charlanne | 0001 | MTC-00005810
Divringi, Murat | 0001 | MTC-00011923
Dixon, Benjamin | 0001 | MTC-00026158
Dixon, Cheicr | 0001 | MTC-00009349
Dixon, Dale | 0001 | MTC-00015829
Dixon, David | 0001 | MTC-00002420
Dixon, Dorothy | 0002 | MTC-00032470
Dixon, Hunter | 0001 | MTC-00017961
Dixon, James | 0002 | MTC-00004783
Dixon, Jim | 0001 | MTC-00011825
Dixon, Marcus | 0001 | MTC-00020622
Dixon, Marcus | 0001 | MTC-00031735
Dixon, Meredith | 0002 | MTC-00004312
Dixon, Merrill | 0001 | MTC-00014407
Dixon, Roy C. | 0005 | MTC-00011264
Dixon, Wilda I. | 0001 | MTC-00010252
DiZoglio, Marc | 0001 | MTC-00031022
dizzynoise@ mac.com | 0003 | MTC-00013688
DJ | 0001 | MTC-00003869
djcj4 | 0001 | MTC-00026962
djgb@ msn.com | 0001 | MTC-00021981
djt@ netfocus.net | 0001 | MTC-00010454
dkelliher@ carterprinting.com | 0001 | MTC-00017245
dkmck@ hotmail.com | 0001 | MTC-00017241
dksflu@ ez-net.com | 0001 | MTC-00014504
dlaynejr@ juno.com | 0001 | MTC-00021978
dlb@ mail.vark.edu | 0001 | MTC-00017275
dmanhs@ juno.com | 0001 | MTC-00024799
DmarkBill@ aol.com | 0001 | MTC-00007000
DMASON | 0001 | MTC-00013408
dmc654@ aol.com | 0001 | MTC-00021980
dmckee@ ionet.net | 0001 | MTC-00014518
dmelfi@ promot.com | 0001 | MTC-00013838
dmgreene@ ucla.edu | 0001 | MTC-00016010
dmholmes@ webtv.net | 0001 | MTC-00024254
dmiles | 0001 | MTC-00023203
dnorton | 0001 | MTC-00021353
Doane, Danielle | 0001 | MTC-00032574
Dobbins, Chris | 0001 | MTC-00026392
Dobbs, Dennis | 0001 | MTC-00002343
Dobmeier, Collette | 0001 | MTC-00025831
Dobrinen, Anne Argue | 0001 | MTC-00011216
Dobriner, Jacob | 0002 | MTC-00011193
Dobson, Andrew | 0001 | MTC-00005887
Dobson, Glenn | 0001 | MTC-00012184
Dobson, Glenn | 0002 | MTC-00033668
Dobson, R. C. | 0001 | MTC-00008481
Doc, Gordon | 0001 | MTC-00020606
Dockery, Barry | 0001 | MTC-00012458
Dockins, Rickey | 0001 | MTC-00025924
Dockstader, Harriet G. | 0001 | MTC-00006939
Dockter, Steve | 0001 | MTC-00016091
docpos@ juno.com | 0001 | MTC-00025811
doczell@ prodigy.net | 0001 | MTC-00006563
Dodds, George | 0001 | MTC-00022763
Dodds, Laura | 0001 | MTC-00012702
Dodds, Laura | 0001 | MTC-00006020
Dode-McCue, Diane | 0001 | MTC-00030887
Dodel, Mark | 0002 | MTC-00004889
Dodel, Mark | 0002 | MTC-00008272
Dodge, Peter | 0001 | MTC-00013101
Dodge, Suzanne | 0001 | MTC-00031195
Dodge, Suzanne | 0001 | MTC-00032620
Dodge, Warren | 0001 | MTC-00021129
Dodgson@ mail.owc.net | 0001 | MTC-00001180
Dodier, Robert | 0001 | MTC-00019438
Dodson, Joan | 0001 | MTC-00021465
Dodson, Warren E. | 0001 | MTC-00023191
Doe, Jon | 0001 | MTC-00025274
Doering, Gary | 0001 | MTC-00013535
Doerksen, Trevor | 0002 | MTC-00001051
Doerkson, Richard | 0001 | MTC-00017654
Doern, B. L. | 0001 | MTC-00009651
Doern, Betty Lou | 0001 | MTC-00002437
Doerr, Jerry | 0001 | MTC-00024277
Doerr, Mark | 0002 | MTC-00001688
Doerr, Mark | 0002 | MTC-00001911
dogjerde@ worldnet.att.net | 0001 | MTC-00024823
Doherty, Joe | 0001 | MTC-00002979
Doherty, John | 0001 | MTC-00019280
Doherty, Leonard | 0001 | MTC-00030958
Doherty, Mike | 0001 | MTC-00026407
Doherty, Ryan | 0001 | MTC-00000632
Doherty, Stan | 0001 | MTC-00013645
Doherty, Wanda | 0001 | MTC-00031054
Dohler, Derek | 0001 | MTC-00023769
Dohnert, Roberto | 0001 | MTC-00018113
Dohrmann, Blane | 0001 | MTC-00031521
doj@ lentner.com | 0001 | MTC-00019837
Dolan, Aline | 0002 | MTC-00009184
Dolan, Jeremy M. | 0001 | MTC-00004083
Dolan, Kathleen | 0001 | MTC-00027344
dolanwpdctown@ aol.com | 0001 | MTC-00011324
doldomcel@ aol.com | 0001 | MTC-00017303
Dole, Fred | 0001 | MTC-00031445
Dolinar, David | 0001 | MTC-00017008
Doll, Richard | 0001 | MTC-00014819
Doll, Richard | 0001 | MTC-00014629
Dollack, Brian S. | 0002 | MTC-00011491
Dollar, Bob | 0001 | MTC-00005465
dollins, Robert | 0001 | MTC-00010528
Dollins, Robert | 0001 | MTC-00001978
Dollner, Barbara | 0001 | MTC-00014896
Dolson, Robert | 0001 | MTC-00024201
Dolyak, Nick | 0001 | MTC-00006325
Doman, Geoffrey | 0001 | MTC-00007801
Doman, Geoffrey | 0001 | MTC-00012390
Doman, Pat | 0001 | MTC-00012737
Doman, Patrick L. | 0001 | MTC-00005851
Dome, Don | 0002 | MTC-00033419
Domenech, Laurent | 0001 | MTC-00001133
Domenech, Laurent | 0001 | MTC-00027716
Domengues, Tony | 0001 | MTC-00008541
Domenico, Steve | 0001 | MTC-00015498
Dominguez, Anthony | 0002 | MTC-00032287
Dominguez, Walter | 0001 | MTC-00009760
Dominick, John | 0001 | MTC-00006622
Dominque, Jules | 0001 | MTC-00008941
Domit, Tony | 0001 | MTC-00008739
Dompier, Jim | 0001 | MTC-00000317
Domrow, Joan | 0001 | MTC-00023551
Don | 0001 | MTC-00010371
Don | 0001 | MTC-00007753
Don | 0001 | MTC-00027167
Don, Ronald | 0001 | MTC-00025204
don-patl@ msn.com | 0001 | MTC-00011308
Donahue, Brandon | 0001 | MTC-00020176
Donahue, Christopher | 0001 | MTC-00030371
Donahue, Christopher J. | 0001 | MTC-00024973
Donahue, Joseph F. | 0001 | MTC-00007437
Donahue, Tom | 0001 | MTC-00023350
Donakerley@ aol.com | 0001 | MTC-00007320
Donald | 0001 | MTC-00007332
donalddreifus@ yahoo.com | 0001 | MTC-00012752
Donaldson, David C. | 0001 | MTC-00022256
Donaldson, Jerome J | 0001 | MTC-00025591
Donaldson, John | 0001 | MTC-00025869
Donaldson, Kenneth | 0001 | MTC-00023447
Donaldson, Miriam E. | 0001 | MTC-00012111
Donaldson, Norm | 0001 | MTC-00011736
Donalik, Thomas | 0001 | MTC-00022563
donamill@ bellsouth.com | 0001 | MTC-00010873
donb@ gasullivan.com | 0002 | MTC-00028476
Done, WIlliam | 0001 | MTC-00026923
Donehower, H. Roy | 0001 | MTC-00003918
Donepudi, Krishna | 0001 | MTC-00015717
Dong, Ron | 0001 | MTC-00026188
Donham, Jake | 0001 | MTC-00016989
Donivan, Flora | 0001 | MTC-00007029
Donivan, Flora | 0001 | MTC-00011654
Donlon, Katherine | 0001 | MTC-00020727
Donnell, Sam | 0001 | MTC-00000560
Donnelly, Brian | 0001 | MTC-00021929
Donnelly, Dennis O. | 0001 | MTC-00003896
Donnelly, Thom | 0001 | MTC-00010052
Donner, Jeff | 0001 | MTC-00025645
Donner, Jeff | 0001 | MTC-00003441
Donnorman | 0001 | MTC-00020263
Donohue, Bill | 0001 | MTC-00023889
Donohue, Jean | 0002 | MTC-00031749
Donohue, Kathleen | 0001 | MTC-00022986
Donohue, Kevin | 0002 | MTC-00031332
Donosky, Jeff | 0001 | MTC-00000591
Donovan, Chuck | 0001 | MTC-00009145
Donovan, Jay | 0001 | MTC-00032073
Donovan, Mike | 0001 | MTC-00009980
Donovan, Richard F. | 0001 | MTC-00011886
Donovan, Timothy | 0001 | MTC-00031389
Donovan, William P. | 0001 | MTC-00022181
donovan2@ ix.netcom.com | 0002 | MTC-00004259
Donstitaes | 0001 | MTC-00025860
dont@ tushauscpa.com | 0001 | MTC-00014531
Dontje, Brian L. | 0001 | MTC-00005736
Doo, Mary | 0001 | MTC-00025460
Doocy, Morgan | 0001 | MTC-00018221
Doody, Scott | 0001 | MTC-00011075
Dooks, Charles | 0002 | MTC-00011031
Dool, Linda J. | 0001 | MTC-00031774
Dooley, Garland | 0001 | MTC-00002532
Dooley, Pat | 0001 | MTC-00027301
Dooling, Dave | 0001 | MTC-00027802
Doolittle, Lawrenie | 0002 | MTC-00026592
Doonawala, Khozen | 0001 | MTC-00007725
Doorge, Peter | 0001 | MTC-00020780
Doran, Bob | 0001 | MTC-00019985
Doran, Jeff | 0001 | MTC-00018796
Doran, Tom | 0001 | MTC-00006722
Doran-Marshall, Dave | 0001 | MTC-00014606
Doran-Marshall, Dave | 0002 | MTC-00023443
Doremus, J en and Warren | 0003 | MTC-00026453
Doremus, Warren and Jean | 0001 | MTC-00006533
Dorey, David | 0001 | MTC-00020113
Dorgan, Tracy | 0001 | MTC-00025488
Dorian, Charles | 0002 | MTC-00028932
Doris, Bob | 0001 | MTC-00003311
dorisprc2@ juno.com | 0001 | MTC-00010492
doriswinflu | 0001 | MTC-00025189
Dorman, Brandon | 0001 | MTC-00018827
Dormeyer, Paul | 0001 | MTC-00003059
Dornan, James | 0001 | MTC-00017772
Dorner, Jinny | 0001 | MTC-00009472
Dorsa, Al | 0001 | MTC-00026298
Dorsett, Charles | 0001 | MTC-00017256
Dorsey, John W. | 0001 | MTC-00009064
Dorst, Fred | 0001 | MTC-00029868
Dorsten, Charles | 0001 | MTC-00011190
Dos, Chris | 0001 | MTC-00015430
Doser, Jerry | 0002 | MTC-00030484
Dosser, Ralph | 0001 | MTC-00016932
Dossey, Jim | 0001 | MTC-00003403
dotjim50@ earthlink.net | 0001 | MTC-00010473
Dotson, Gordon | 0001 | MTC-00012965
Doty, Raymonod | 0001 | MTC-00001382
Dou Coupolis, Halle | 0001 | MTC-00008576
Double≧≧S≧≧ | 0001 | MTC-00009869
Doubtfire, Graham | 0001 | MTC-00009650
Doucette, Dave | 0001 | MTC-00003523
Doug | 0001 | MTC-00018819
Doug | 0001 | MTC-00000211
Doug | 0001 | MTC-00002021
Dougan, John | 0001 | MTC-00019069
dougcooks4u.icu28@ juno.com | 0001 | MTC-00010912
Dougherty, Dan | 0001 | MTC-00025360
Dougherty, Fran | 0001 | MTC-00012665
Dougherty, Jim | 0001 | MTC-00009326
Dougherty, Jim | 0001 | MTC-00009330
Dougherty, Joseph H. | 0001 | MTC-00000177
Dougherty, Nell | 0001 | MTC-00024222
Dougherty, paul | 0001 | MTC-00009959
Dougherty, Tom | 0001 | MTC-00008335
Doughty, Johnathan | 0003 | MTC-00027999
Douglas, Bob | 0001 | MTC-00010275
Douglas, Freda | 0001 | MTC-00021622
Douglas, Greg | 0001 | MTC-00020854
Douglas, Ru | 0005 | MTC-00027384
Douglas, Thackery | 0001 | MTC-00021739
Douglas, Tim | 0001 | MTC-00018784
Douglass, James | 0001 | MTC-00016886
Douglass, William | 0001 | MTC-00004800
Doukas, David | 0001 | MTC-00002366
Douma, Darin James | 0001 | MTC-00018448
Dourado, Eli | 0001 | MTC-00016116
Dourian, Robert | 0001 | MTC-00008361
dovn@ juno.com | 0001 | MTC-00011123
Dow, Terri and Reed | 0001 | MTC-00010895
Dowd, Brian | 0001 | MTC-00016476
Dowd, Christine | 0001 | MTC-00023841
Dowd, Christine | 0001 | MTC-00033352
Dowd, John F. | 0001 | MTC-00002566
Dowd, Matthew | 0001 | MTC-00022693
Dowdle, Jerome | 0001 | MTC-00013762
Dowdy, Irene | 0001 | MTC-00005995
Dowdy, Jerry | 0001 | MTC-00012462
Dowdy, Jerry | 0001 | MTC-00029449
Dowe, Jane | 0001 | MTC-00020414
Dowe, Mike | 0001 | MTC-00002465
Dowel, John F. | 0003 | MTC-00024967
Dowell, Robin | 0001 | MTC-00016499
Dowguy99@ aol.com | 0001 | MTC-00006573
Dowling, Jim | 0001 | MTC-00008111
Downer, John | 0001 | MTC-00013252
Downes, Scott | 0001 | MTC-00018243
Downey, Brenda | 0001 | MTC-00021919
Downey, Daniel | 0001 | MTC-00013188
Downey, Ross | 0001 | MTC-00019064
Downie, Robin | 0002 | MTC-00024691
Downing, Gary | 0001 | MTC-00020763
Downing, Lisa | 0001 | MTC-00025652
Downs, James and Christianna | 0002 | MTC-00029820
Downs, Warren | 0004 | MTC-00004510
Downward, James G. | 0001 | MTC-00001455
Downyonder@ juno.com | 0001 | MTC-00000468
Doyle, Dennis | 0001 | MTC-00021553
Doyle, Don | 0001 | MTC-00012450
Doyle, Jeffrey | 0001 | MTC-00010246
Doyle, Joseph | 0001 | MTC-00008424
Doyle, Larry | 0001 | MTC-00008499
Doyle, Mike | 0001 | MTC-00004315
Doyle, Mike | 0001 | MTC-00006373
Doyle, Pat | 0001 | MTC-00030523
Doyle, Sharon | 0001 | MTC-00008157
Doyle, Sharon | 0001 | MTC-00030831
Doynter, Dan | 0001 | MTC-00001419
dp@ antariodesign.com | 0001 | MTC-00028632
Dparrl@ aol.com | 0001 | MTC-00008857
dpatel@ aocpt.org | 0001 | MTC-00021349
dpg-marl@ juno.com | 0001 | MTC-00010913
dphillwan@ aol.com | 0001 | MTC-00012730
dpost@ waypt.com | 0001 | MTC-00028177
DPWPoot@ aol. com | 0001 | MTC-00007264
Dpww@ aol.com | 0001 | MTC-00027076
Dr. Oog | 0001 | MTC-00002999
Dr. Williams Ledsham | 0002 | MTC-00019742
Drabb, James | 0001 | MTC-00019416
Drabik, Matthew | 0001 | MTC-00012846
Dracomic, Alan H. | 0001 | MTC-00004514
Dragert, Tobi | 0001 | MTC-00014081
Drago, Pamela | 0001 | MTC-00003295
Dragone, Michael | 0001 | MTC-00024626
Dragoo, Phil | 0001 | MTC-00022695
Dragoun, Mike | 0001 | MTC-00023381
Drainville, Ray | 0002 | MTC-00003463
Drainville, Ray | 0001 | MTC-00013332
Drake, Bill | 0001 | MTC-00007806
Drake, Daniel | 0001 | MTC-00015884
Drake, David | 0001 | MTC-00005204
Drake, David | 0001 | MTC-00032361
Drake, Fred | 0001 | MTC-00021833
Drake, Gayle | 0001 | MTC-00029384
Drake, Jeff | 0001 | MTC-00002297
Drake, Joshua | 0001 | MTC-00022468
Drake, Mark | 0001 | MTC-00018876
Drake, Sandra | 0001 | MTC-00030526
Dranger, Stephen Thomas | 0005 | MTC-00020029
Draper, Josh | 0001 | MTC-00015192
Dregalla, Jon | 0001 | MTC-00022727
Dreger, Jim | 0001 | MTC-00000498
Dreger, Paule | 0001 | MTC-00029639
Dreier, Daniel | 0002 | MTC-00026638
Dreier, E.W. | 0001 | MTC-00033494
Dreifus, Daniel M. | 0001 | MTC-00001161
Dreifus, Daniel M. | 0001 | MTC-00001913
Dreifus, Donald | 0001 | MTC-00021388
Drennan, Justin | 0001 | MTC-00020553
Dresback, Chuck | 0001 | MTC-00000079
Drescher, Sten Michael | 0003 | MTC-00018120
Drew | 0001 | MTC-00009573
Drew | 0001 | MTC-00013607
Drew, Ammann | 0001 | MTC-00015767
Drew, Ellie | 0002 | MTC-00026461
Drew, Matthew | 0003 | MTC-00015199
Drew, Sean | 0002 | MTC-00014368
Drews, Johathan | 0001 | MTC-00019331
Dreyer, Arek | 0001 | MTC-00026423
Dreyer, Robert | 0001 | MTC-00007896
Driks, Jordan | 0001 | MTC-00030552
Drinkwine, Paul | 0001 | MTC-00011025
Driscipio, Joseph | 0001 | MTC-00023695
Driscoll, Kevin | 0001 | MTC-00013145
Driscoll, Patrick | 0001 | MTC-00025688
Driscoll, Patrick J. | 0001 | MTC-00007514
Driscoll, Richard | 0001 | MTC-00012799
Driscoll, Sean | 0001 | MTC-00023149
Driskill, Buford L. Jr. | 0001 | MTC-00030364
Driskill, Jim | 0001 | MTC-00001272
drittler@ juno.com | 0001 | MTC-00010871
Driver, Richard | 0001 | MTC-00003430
Drizd, Doug | 0001 | MTC-00000607
Drlik, Scott | 0001 | MTC-00008606
DRNNAT@ aol.com | 0001 | MTC-00007004
Drolet, Patrice | 0001 | MTC-00002097
Dromgoole, Charlie | 0001 | MTC-00033451
Drone, Michael | 0001 | MTC-00026178
Dronen, Nicholas | 0001 | MTC-00011335
Droney, Mike | 0001 | MTC-00027396
Droske, Rich | 0001 | MTC-00013500
drostander@ att.net | 0001 | MTC-00003032
Drown, Calvin | 0001 | MTC-00006709
Droy, Stanley | 0001 | MTC-00027714
Droz, John | 0001 | MTC-00001398
DrShelleyG@ aol.com | 0001 | MTC-00009106
Druck, Jon | 0001 | MTC-00015218
Drucker, Ivan | 0002 | MTC-00002264
Drumm, Neil | 0001 | MTC-00018917
Drummond, James P. | 0001 | MTC-00001597
Drummond, Peter | 0002 | MTC-00009863
Drury, Jeanne | 0001 | MTC-00025163
Druxman, Lee | 0001 | MTC-00016445
drwho38@ bellsouth.net | 0001 | MTC-00016034
drwhom@ valleyalley.com | 0001 | MTC-00028097
drwhom@ valleyalley.com | 0001 | MTC-00010356
Dryburgh, Randall | 0002 | MTC-00003706
Dryden, Charles | 0001 | MTC-00011099
Dryden, Gary | 0001 | MTC-00032678
Dryer, Daniel | 0001 | MTC-00031752
Drzaic, Paul | 0002 | MTC-00023929
Drzaic, Paul | 0002 | MTC-00033402
DS | 0001 | MTC-00027411
Dsailero@ aol.com | 0001 | MTC-00003579
dsi@ decisionscierces.com | 0001 | MTC-00013832
dsteve55539@ aol.com | 0001 | MTC-00010879
Dsyates | 0001 | MTC-00019918
DTPatterson@ aol.com | 0001 | MTC-00028169
DTSORR@ aol.com | 0001 | MTC-00009166
Du Plessis, Jacques | 0001 | MTC-00022512
Du Vall, Alben | 0001 | MTC-00032807
Duane, Jeremy | 0001 | MTC-00004787
Duane, Mailing | 0001 | MTC-00014854
duanebat@ aol.com | 0001 | MTC-00010470
duanej@ microsoft.com | 0001 | MTC-00024242
Dubcak, Ray | 0001 | MTC-00009295
dube@ sensible-net.com | 0001 | MTC-00025639
Duberg, James | 0001 | MTC-00004351
Dubin, Corey | 0001 | MTC-00015625
DuBois, Paul | 0001 | MTC-00002856
Dubosky, Mark | 0001 | MTC-00010764
Dubov, Mike | 0001 | MTC-00031671
Dubrowski, Markus | 0001 | MTC-00013470
DuBuc, Allin | 0001 | MTC-00006090
Dubuque, Peter | 0001 | MTC-00027728
Ducamp, Bernard P. | 0001 | MTC-00001311
Ducamp, Bernard P. | 0001 | MTC-00004772
Duchene, Patricia | 0001 | MTC-00008783
Duckett, Tony | 0001 | MTC-00015310
Duckham, Philip | 0001 | MTC-00026622
Dudley, Tom | 0001 | MTC-00020668
Dudzinski, Leonard | 0002 | MTC-00001211
Dudzinski, Leonard | 0002 | MTC-00001849
Dueber, Bill | 0001 | MTC-00018190
Duemling, Keith | 0002 | MTC-00029255
Duerksen, Gary | 0002 | MTC-00026426
Duersing, B. | 0001 | MTC-00005572
Duerst, Frank K. | 0001 | MTC-00012340
Duetting, Mike | 0001 | MTC-00010626
Dufaukt, Janet Gutkoski | 0001 | MTC-00031970
Dufek, Ernie | 0001 | MTC-00029762
Duff, Michael | 0001 | MTC-00027702
Duffett, James W. | 0001 | MTC-00029342
Duffey, Joseph | 0001 | MTC-00005269
Duffin, Kirk | 0001 | MTC-00016572
Duffin, Marlene Quayle | 0001 | MTC-00006349
Duffy, Beranard J. | 0001 | MTC-00015703
Duffy, Charles | 0001 | MTC-00004705
Duffy, D.D. | 0001 | MTC-00012408
Duffy, James | 0002 | MTC-00033627
Duffy, Joseph | 0001 | MTC-00020046
Duffy, Karen | 0001 | MTC-00029071
Duffy, Megan | 0001 | MTC-00025733
Duffy, Nathan | 0001 | MTC-00023442
Duffy, Robert | 0004 | MTC-00009409
DuFour, Mark | 0001 | MTC-00004925
Dufour, Patrick | 0001 | MTC-00018028
DuFrane, Robert | 0001 | MTC-00020770
Dufresne, Garry | 0001 | MTC-00002680
Dufresne, Walter | 0001 | MTC-00001375
Dugan, Bill | 0001 | MTC-00016183
Dugan, Bill | 0001 | MTC-00016187
DugEaglEye@ aol.com | 0001 | MTC-00006503
Duggan James P. | 0001 | MTC-00029786
Duggan, Donna | 0001 | MTC-00026199
Duggan, Joel | 0001 | MTC-00003144
Duggan, Robert S. | 0001 | MTC-00006736
Duhr, Edward | 0001 | MTC-00025579
Duijker, HGM | 0001 | MTC-00017201
Duijker, HGM | 0001 | MTC-00004124
Dujardin-Terry, Jason | 0001 | MTC-00016520
Duke, Brett | 0005 | MTC-00026940
dukejace@ bellsouth.net | 0001 | MTC-00017336
DulaCarol@ aol.com | 0001 | MTC-00006924
Dullys, Harry | 0001 | MTC-00028944
DuLong, Perry | 0001 | MTC-00007691
Dumais, Joe | 0001 | MTC-00024336
Dumm, Bryan | 0001 | MTC-00018911
Dumm, Jeff | 0001 | MTC-00003755
Dumser, Louis | 0001 | MTC-00002275
Dun, Jay | 0001 | MTC-00016202
Dunaway, Daniel | 0001 | MTC-00021005
Dunaway, Daniel | 0001 | MTC-00007135
Dunaway, Les | 0001 | MTC-00027902
Dunbar, Scott | 0003 | MTC-00000662
dunbar@ cyberspace.org | 0002 | MTC-00016355
Duncan, Barbara | 0002 | MTC-00014299
Duncan, Beverly | 0001 | MTC-00029878
Duncan, James | 0001 | MTC-00024953
Duncan, James R. | 0001 | MTC-00023562
Duncan, Jeff | 0001 | MTC-00023458
Duncan, John | 0001 | MTC-00033031
Duncan, Leslie | 0001 | MTC-00008868
Duncan, Madelyne | 0001 | MTC-00006233
Duncan, Richard | 0003 | MTC-00029007
Duncan, Robert | 0002 | MTC-00030345
Duncan, Steven | 0001 | MTC-00031652
Duncan, Tim | 0001 | MTC-00003874
DunCanson, Kristin W. | 0002 | MTC-00031738
Dungan, Cynthia | 0001 | MTC-00021669
Dunham, Colleen | 0001 | MTC-00009308
Dunham, Dave and Betty | 0001 | MTC-00029455
Dunlap, Bob | 0001 | MTC-00026161
Dunlap, Kathleen | 0001 | MTC-00005447
Dunlap, Michael | 0001 | MTC-00015952
Dunlap, Natalie | 0001 | MTC-00030475
Dunlap, Robert | 0001 | MTC-00006798
Dunlap, Warren | 0001 | MTC-00005567
Dunleavy, Gareth | 0001 | MTC-00031348
Dunlop, Linda W. | 0002 | MTC-00031994
Dunlula, Greg | 0001 | MTC-00014993
Dunn, Bernard | 0001 | MTC-00006382
Dunn, Bernard D. | 0001 | MTC-00000630
Dunn, Casey | 0001 | MTC-00019039
Dunn, Eric | 0001 | MTC-00013138
Dunn, Eugene F. | 0001 | MTC-00006438
Dunn, Gerald | 0001 | MTC-00021204
Dunn, Jack | 0001 | MTC-00019488
Dunn, Jason M. | 0001 | MTC-00015383
Dunn, John | 0001 | MTC-00029054
Dunn, Ken | 0001 | MTC-00000057
Dunn, Lowell | 0001 | MTC-00006543
Dunn, Marleine | 0001 | MTC-00023641
Dunn, Marleine | 0001 | MTC-00006288
Dunn, Matthew | 0001 | MTC-00009828
Dunn, Michael | 0001 | MTC-00000841
Dunn, Peter A. | 0001 | MTC-00025969
Dunn, Rebecca | 0001 | MTC-00030267
Dunn, Richard | 0001 | MTC-00027219
Dunn, Robert | 0001 | MTC-00023627
Dunn, Ron | 0001 | MTC-00021127
Dunn, Tom | 0001 | MTC-00006548
Dunn, William | 0002 | MTC-00009009
Dunn, William | 0001 | MTC-00013310
Dunne, Rob | 0001 | MTC-00014901
Dunning, Gary | 0001 | MTC-00012767
Dunning, Helen-Elizabeth | 0001 | MTC-00020340
Dunning, James | 0001 | MTC-00032991
Dunphy, Ed | 0008 | MTC-00027537
Dunshee, John | 0002 | MTC-00033647
Dunsmore, Kirby | 0002 | MTC-00032133
Dunstan, Al W. | 0001 | MTC-00002784
Dunton, Sharon | 0001 | MTC-00001750
Duong, Minh | 0002 | MTC-00000401
Duorkin, Daniel and Andrea | 0001 | MTC-00015556
Dupre, Tom | 0001 | MTC-00014479
Dupre, Tom | 0002 | MTC-00007487
Dupree, John | 0001 | MTC-00032768
Duprey, Brian H. | 0001 | MTC-00030321
Dupuis, Dominic | 0001 | MTC-00002461
Dupuis, Dominic | 0001 | MTC-00032129
Dupuis, Jacques | 0001 | MTC-00010406
Dupuy, Lori | 0001 | MTC-00024459
DuPuy, Matthew | 0001 | MTC-00020318
Dupuy, Paul Jr. | 0001 | MTC-00024458
Duran, Anthony J. | 0001 | MTC-00009084
Duran, Anthony J. | 0001 | MTC-00002222
Durand, Richard M. | 0001 | MTC-00032916
Durant, Chris | 0001 | MTC-00012803
Durant, Christopher | 0001 | MTC-00031334
Durant, Christopher | 0001 | MTC-00031349
Durant, Dean | 0001 | MTC-00004145
Durfy, CHristopher | 0001 | MTC-00003837
Durham, Bill | 0002 | MTC-00025259
Durke, M.E. | 0001 | MTC-00026562
Durkin, Michael | 0001 | MTC-00026793
Durliat, Jack | 0001 | MTC-00005908
Durni, Tanya L. | 0001 | MTC-00004814
Durrant, John | 0001 | MTC-00024065
Durso, Margaret | 0001 | MTC-00002179
Durso, Margaret Rosser | 0001 | MTC-00008784
Duschean, Vince | 0001 | MTC-00008187
Dush, Cris | 0002 | MTC-00018660
dustyt@ ppmco.com | 0001 | MTC-00021986
Dusza, Michael E. | 0001 | MTC-00005985
Dutcher, Terry | 0001 | MTC-00018602
Duthie, G. Andrew | 0003 | MTC-00030420
Dutkofski, Jeff | 0001 | MTC-00016254
Dutresne, Walter | 0001 | MTC-00013587
Dutton, Granville | 0001 | MTC-00024156
Duval, Jason | 0001 | MTC-00016873
Duval, Smythe | 0003 | MTC-00001618
DuVal, Smythe | 0003 | MTC-00001850
DuVall, Dale | 0001 | MTC-00023346
DuVall, Merlin | 0001 | MTC-00008904
Duwaldt, Kerry | 0001 | MTC-00007775
DuWardt, James | 0001 | MTC-00019273
Dux, Richard J. | 0001 | MTC-00011944
Duzenack, Geraldine | 0001 | MTC-00020635
Dvorak, Mike | 0001 | MTC-00000284
Dvorak, Pamela | 0002 | MTC-00010834
Dvorak, Pamela J | 0001 | MTC-00031139
dwb15@ juno.com | 0001 | MTC-00010890
Dwdiet@ aol.com | 0001 | MTC-00008743
dwdonaway@ juno.com | 0001 | MTC-00010917
dweick@ ashland.edu | 0001 | MTC-00028163
dweist@ buckeye-express.com | 0001 | MTC-00025085
Dwight, John | 0002 | MTC-00013986
dwilliams@ admgt.com | 0001 | MTC-00017239
dwnowlin@ msn.com | 0001 | MTC-00017309
dwolr@ prologic-inc.com | 0001 | MTC-00021996
Dworkin, Paul | 0001 | MTC-00017552
Dwyer, Andy | 0001 | MTC-00015710
Dwyer, Darlene | 0001 | MTC-00025757
Dwyer, Jack T. | 0001 | MTC-00027143
Dwyer, Julian | 0002 | MTC-00025055
Dwyer, Susan | 0007 | MTC-00004056
dyankee@ chartermi.net | 0001 | MTC-00016032
Dyar, Thomas | 0001 | MTC-00016326
Dyas, Gregory | 0002 | MTC-00016633
Dyck, Lionel B. | 0001 | MTC-00001554
Dyck, Bryan | 0001 | MTC-00018064
Dye, Marian | 0001 | MTC-00008452
Dye, Tony | 0001 | MTC-00012546
Dyer, Mark | 0001 | MTC-00007178
Dyer, Sharrie | 0001 | MTC-00007017
Dyer, Sharrie | 0001 | MTC-00012839
Dyer, William K. | 0001 | MTC-00008848
Dyess | 0002 | MTC-00021886
dyFosse, Peter | 0011 | MTC-00025243
Dyke, Herbert | 0001 | MTC-00026486
Dykeman, Jim | 0001 | MTC-00014454
Dykes, James | 0001 | MTC-00030143
Dykstra, Willea | 0001 | MTC-00020673
Dylewski, Scott | 0001 | MTC-00019078
Dylutra, Akavar | 0001 | MTC-00003243
Dymond, Christopher | 0001 | MTC-00008263
Dymond, Christopher | 0001 | MTC-00004697
Dymond, Christopher S. | 0001 | MTC-00001572
Dynamic, Eric | 0005 | MTC-00019716
Dynes, Richard | 0002 | MTC-00017570
Dyson, Jim | 0001 | MTC-00013070
Dzemidzenka, Steve | 0001 | MTC-00019131
Dzeshchanka, Aliaksandr | 0001 | MTC-00021909
Dzienius, Susan | 0001 | MTC-00012300
Dziuk, George L. | 0001 | MTC-00007913
e-fehling@ hotmail.com | 0001 | MTC-00014559
E., M. | 0001 | MTC-00017137
E.E. | 0001 | MTC-00015795
E.J. | 0001 | MTC-00016199
E.S. | 0001 | MTC-00026599
e.von.breyman@ juno.com | 0001 | MTC-00024759
EAbercromb@ aol.com | 0001 | MTC-00007282
Eadarapalli, Srinivasa | 0001 | MTC-00012031
Eadsley, Michael | 0001 | MTC-00026201
eagassoc@ aol.com | 0001 | MTC-00017216
Eagle, Irwin | 0001 | MTC-00031144
Eagle, Lewis | 0001 | MTC-00021180
eagle1941@ yahoo.com | 0001 | MTC-00016018
Eakins, Charles | 0001 | MTC-00002722
Eakins, Charles | 0001 | MTC-00015721
Earl | 0001 | MTC-00003883
Earle, Clifford | 0002 | MTC-00032688
Earle, Clifford R. | 0001 | MTC-00025711
Earles, Mr. and Mrs. Harley | 0001 | MTC-00013040
Earley, Jim | 0001 | MTC-00005670
Earley, Joseph | 0001 | MTC-00022102
Earley, Mark L. | 0001 | MTC-00031186
earlsnidely@ yahoo.com | 0001 | MTC-00014658
Earneot, Patrick | 0001 | MTC-00016170
Earnest, Mark | 0001 | MTC-00018166
Earnst, Sylvia | 0001 | MTC-00028668
Earp, Daniel | 0002 | MTC-00000492
Earp, Gordon | 0001 | MTC-00021892
Eash, Chris | 0001 | MTC-00024221
Easley, R. V. | 0001 | MTC-00011275
Easling | 0001 | MTC-00003060
Eason, David | 0001 | MTC-00008546
East, Russ | 0001 | MTC-00005607
Eastbrook, Dan | 0001 | MTC-00014773
Easter, Jeff | 0001 | MTC-00016101
Easter, Margie O. | 0002 | MTC-00033447
Easterling, James R. | 0001 | MTC-00015679
Easterling, Robert E. | 0001 | MTC-00031171
Eastham, Clarissia | 0001 | MTC-00019925
Eastham, James | 0001 | MTC-00005309
Eastland, Fred | 0001 | MTC-00005849
Eastman, Dan | 0001 | MTC-00017993
Eastman, Doris | 0001 | MTC-00030138
Easton, Thomas | 0001 | MTC-00009916
Eastwood, Ben | 0001 | MTC-00001429
Eastwood, Ben | 0001 | MTC-00018188
Eaton, Deborah | 0001 | MTC-00011732
Eaton, Frederik | 0001 | MTC-00004612
Eaton, Harry | 0001 | MTC-00018565
Eaton, Roger | 0001 | MTC-00002325
Eaton, William L. | 0001 | MTC-00006999
Eaves, Frank | 0002 | MTC-00012412
Eavey, Ben | 0001 | MTC-00016872
Ebaugh, Mark | 0001 | MTC-00021924
Ebb, Jim | 0001 | MTC-00021390
Ebeling, Steven | 0001 | MTC-00000533
Ebentier, James | 0001 | MTC-00031659
Eberhardt, Carlos | 0001 | MTC-00016210
Eberhart, Thomas | 0001 | MTC-00021011
Eberle, E. | 0001 | MTC-00018194
Eberle, Paul | 0001 | MTC-00017046
Ebersole, Clarence | 0001 | MTC-00001216
Ebert, E.C. Jr. | 0001 | MTC-00022121
Ebert, John | 0001 | MTC-00029598
Ebert, Michael | 0001 | MTC-00019211
Ebner, Donald | 0001 | MTC-00025773
Ebow | 0001 | MTC-00003382
Ebsen, Clive M. | 0001 | MTC-00013967
Eby, Chad | 0001 | MTC-00015832
Eby, David | 0001 | MTC-00019913
Eby, Zenda | 0001 | MTC-00013494
ecd—asso@ traverse.com | 0001 | MTC-00014320
Echamique, Frank | 0001 | MTC-00025656
echen2 | 0001 | MTC-00021367
Echevarria, Orlando | 0002 | MTC-00004843
Echevarria, Orlando | 0001 | MTC-00009895
Echevarria, Orlando | 0001 | MTC-00017032
Echlin, John E. | 0001 | MTC-00031385
echrist1@ awr.alcatel.com | 0002 | MTC-00020931
Eckat, Joshua | 0001 | MTC-00024145
Eckerich, Bill | 0001 | MTC-00008822
Eckert, John | 0002 | MTC-00032320
Eckhardt, Richard | 0001 | MTC-00010988
Ecklof, Alan J. | 0001 | MTC-00004533
Eckman, David | 0003 | MTC-00008208
Eckman, David | 0002 | MTC-00032116
Eckman, Jeffrey | 0001 | MTC-00013896
Eckman, Karlyn | 0001 | MTC-00006100
Eckman, Travis | 0001 | MTC-00015351
Eckstein, Gary | 0001 | MTC-00000170
Eclausner@ aol.com | 0001 | MTC-00005543
Ecomond@ xnet.com | 0001 | MTC-00002969
Economides, Nicholas | 0017 | MTC-00022465
Econopouly, John | 0001 | MTC-00003917
Econopouly, John | 0001 | MTC-00018765
ecot0001@ midsouth.rr.com | 0001 | MTC-00014537
ecwilde@ prodigy.net | 0001 | MTC-00014495
Ed | 0001 | MTC-00000132
ED | 0001 | MTC-00028237
Ed, A. | 0001 | MTC-00009712
ed@ mail.lp.uab.edu | 0002 | MTC-00015589
edaveforeman@ aol.com | 0001 | MTC-00010383
Eddie | 0001 | MTC-00013714
EddieELR@ aol.com | 0001 | MTC-00009147
Eddings, Jim | 0001 | MTC-00033814
Eddins, Harrison | 0001 | MTC-00002844
Eddison, Simon | 0001 | MTC-00019596
Eddy, Bob | 0001 | MTC-00026753
Eddy, Bob | 0001 | MTC-00026763
Eddy, Chris | 0001 | MTC-00003979
Eddy, Mike | 0001 | MTC-00007826
Eddy, William J. | 0002 | MTC-00031492
Edel, George | 0001 | MTC-00023241
Eden, Mark | 0001 | MTC-00005098
Eden, Noble | 0001 | MTC-00025265
Eden, Robert | 0001 | MTC-00022761
Edens, Jim | 0001 | MTC-00022046
Eders, Jim | 0001 | MTC-00011803
Edgar, Mark | 0001 | MTC-00003013
Edge OO | 0001 | MTC-00010965
Edge, Ben | 0001 | MTC-00022940
Edge, John | 0001 | MTC-00010526
Edge, Julie | 0001 | MTC-00030214
Edgecomb, Steve | 0001 | MTC-00027749
Edgin, Wilma | 0001 | MTC-00006300
Edick, Randall | 0001 | MTC-00005012
Ediger, Bruce | 0001 | MTC-00015279
Edington, Mitch | 0001 | MTC-00019537
Edirisinghe, Irina | 0001 | MTC-00021733
Edlund, Scott | 0002 | MTC-00015805
Edluud, Paul | 0002 | MTC-00024559
edmjrm@ fyi.net | 0001 | MTC-00014318
Edmond, Antonio | 0001 | MTC-00015672
Edmonds, Duane | 0001 | MTC-00008674
Edmondson, Andrew | 0001 | MTC-00001808
Edmonson, Alan | 0001 | MTC-00029456
Edstrom, John | 0002 | MTC-00027077
EducateMe@ aol.com | 0002 | MTC-00000471
Educator Concerned | 0001 | MTC-00013475
edwadding@ juno.com | 0001 | MTC-00010469
Edward, Steven | 0002 | MTC-00018874
Edwards Jr., Mark B. | 0001 | MTC-00031973
Edwards, Aaron | 0001 | MTC-00018899
Edwards, Alan | 0001 | MTC-00027191
Edwards, Arlie | 0001 | MTC-00020226
Edwards, Bill | 0001 | MTC-00004195
Edwards, Bill | 0001 | MTC-00006657
Edwards, Bill | 0001 | MTC-00022157
Edwards, Catherine | 0001 | MTC-00004087
Edwards, Chris | 0001 | MTC-00015490
Edwards, Donn | 0002 | MTC-00001141
Edwards, Ed | 0001 | MTC-00018462
Edwards, George G. | 0001 | MTC-00006464
Edwards, J. G. | 0001 | MTC-00013952
Edwards, J. Scott | 0001 | MTC-00004151
Edwards, J. Scott | 0002 | MTC-00027450
Edwards, James H. | 0001 | MTC-00013481
Edwards, Jason | 0001 | MTC-00024516
Edwards, John | 0001 | MTC-00021710
Edwards, John | 0001 | MTC-00023130
Edwards, Kelsey | 0002 | MTC-00016090
Edwards, Kevin | 0001 | MTC-00008017
Edwards, Mike | 0001 | MTC-00029429
Edwards, Richard | 0001 | MTC-00023438
Edwards, Robert | 0001 | MTC-00012648
Edwards, Robert | 0001 | MTC-00032812
Edwards, Robert | 0001 | MTC-00019048
Edwards, Ronald | 0001 | MTC-00001434
Edwards, Steven | 0001 | MTC-00000788
Edwards, Sue | 0001 | MTC-00023147
Edwards, Tom | 0001 | MTC-00000388
Edwards, William | 0002 | MTC-00000657
Edwardson, Zach | 0001 | MTC-00000433
EE | 0001 | MTC-00018199
eeh8@ juno.com | 0001 | MTC-00011111
eeldon@ juno.com | 0001 | MTC-00028591
Eernisse, Matthew | 0001 | MTC-00020155
EES724@ aol.com | 0001 | MTC-00006930
efdpvb@ aol.com | 0001 | MTC-00011408
Effenberger, Jerry | 0001 | MTC-00004477
Effenberger, Jerry | 0001 | MTC-00011481
Effenberger, Jerry | 0001 | MTC-00021959
Effort, Max | 0001 | MTC-00009274
Efimov, Oleg | 0002 | MTC-00011380
Efron, Morton L. | 0001 | MTC-00008579
Efron, Morton L. | 0001 | MTC-00013174
Egan, Joseph | 0001 | MTC-00018794
Egan, T.K. | 0001 | MTC-00027331
Egan, Terrence | 0002 | MTC-00025082
Egbert, Timothy | 0002 | MTC-00027852
Egdorf, Skip | 0001 | MTC-00016618
Egertrys@ juno,com | 0001 | MTC-00010911
Egge, Nathan | 0001 | MTC-00018006
Egger, Pat | 0001 | MTC-00013340
Eggert, Frederice | 0001 | MTC-00009329
Eggert, Thomas R. | 0001 | MTC-00006605
Eggleston | 0001 | MTC-00000696
Eggleston, Elliott | 0001 | MTC-00019470
Egide, Rita | 0001 | MTC-00021330
Egland, Alice | 0002 | MTC-00033454
Eglin, J.J. | 0001 | MTC-00031153
egmears@ yahoo.com | 0001 | MTC-00021985
Eguia, C | 0001 | MTC-00014283
Eguia, Candelario | 0001 | MTC-00009105
Egurih, Fern | 0001 | MTC-00026970
ehickson@ yahoo.com | 0001 | MTC-00016011
Ehl, Jane | 0001 | MTC-00032421
Ehle, David | 0002 | MTC-00016231
Ehlers, Marion | 0001 | MTC-00013297
Ehrenford, Frank | 0001 | MTC-00027035
Ehrenpreis, Charles | 0001 | MTC-00032603
Ehresman, Daniel | 0002 | MTC-00003109
Ehresman, Nathan | 0001 | MTC-00000256
Ehrhardt, Elaine | 0001 | MTC-00006774
Ehrhardt, Horst | 0001 | MTC-00012294
Ehrilichman, Gloria | 0001 | MTC-00022804
Ehrler, James R. | 0001 | MTC-00021080
Ehrlich, Jim | 0001 | MTC-00003010
Eibert, Lillian | 0001 | MTC-00007848
Eich, Jack | 0001 | MTC-00029340
Eichhorn, Joanne | 0001 | MTC-00018654
Eide, John | 0001 | MTC-00012532
Eidelberg, Tal | 0002 | MTC-00033835
Eilbaum, David | 0002 | MTC-00032178
Einer, Lee | 0002 | MTC-00003587
Einhorn, Richard | 0001 | MTC-00023669
Einhorn, Robert | 0001 | MTC-00006252
Einig, Richard G. | 0001 | MTC-00006424
Eischen, Stan | 0001 | MTC-00030588
Eisenback, Marilyn | 0001 | MTC-00026263
Eisenberg, Dan | 0001 | MTC-00029190
EIsenberg, J. David | 0001 | MTC-00019034
Eisenberger, Gary | 0001 | MTC-00026099
Eisenhardt, Derrick | 0001 | MTC-00013953
Eisenman, Tom | 0001 | MTC-00018449
Eisenmann, Elizabeth | 0001 | MTC-00018344
Eisenmann, Jared | 0001 | MTC-00015712
Eisner, Charles | 0001 | MTC-00006031
Eiteljorg, Nice | 0001 | MTC-00003153
Eiteljorge | 0001 | MTC-00008580
Eitner, Don | 0002 | MTC-00002314
Eizenhoefer, Richard | 0001 | MTC-00014839
EJB2010@ aol.com | 0001 | MTC-00006857
ejmms@ aol.com | 0001 | MTC-00015967
ejy@ wtb.usdoj.gov | 0001 | MTC-00019728
Ekeberg, Goran | 0001 | MTC-00003517
Ekiss, Barb | 0001 | MTC-00006912
Eklund, Jim | 0001 | MTC-00023195
Ekstein, Peter | 0002 | MTC-00004667
El Sawy, Soraya | 0001 | MTC-00007994
Elahi, Bijan | 0001 | MTC-00007251
elaird@ austin.re.com | 0001 | MTC-00002449
Elam Family | 0001 | MTC-00024546
Elam, Troy | 0001 | MTC-00003194
ELCEL@ aol.com | 0001 | MTC-00006568
Elder, Dick | 0001 | MTC-00030764
Elder, Don | 0002 | MTC-00021526
Elder, Franklin Terry | 0001 | MTC-00007823
Elder, Gene | 0001 | MTC-00022559
Elder, Preston A. | 0004 | MTC-00004551
Eldridge, Adelbert | 0001 | MTC-00020985
Eldridge, Dominic | 0001 | MTC-00019466
Eldridge, Kevin S. | 0001 | MTC-00013763
Elenbass, Rhoda | 0001 | MTC-00011641
Elfers, Richard and Priscilla | 0001 | MTC-00009376
Elhauge, Einer | 0014 | MTC-00027209
Elias, Cheryl | 0001 | MTC-00021381
Elias, Elmer | 0002 | MTC-00033619
Elias, Geoffe | 0004 | MTC-00020410
Elias, Ziad | 0001 | MTC-00006274
Eliason, Bob | 0001 | MTC-00001544
Eliason, Bob | 0001 | MTC-00002413
elisabeth.koch@ excite.com | 0002 | MTC-00016554
Elkin, Keith | 0001 | MTC-00012134
Elkins III, Edmund H. | 0001 | MTC-00013979
Elkins, Brett | 0002 | MTC-00031590
Elkins, Jeff | 0001 | MTC-00019615
Elkins, Scott | 0001 | MTC-00013582
Ellch, Jon | 0001 | MTC-00016434
Elle, John | 0001 | MTC-00020266
Ellen, Thomas | 0001 | MTC-00000364
Ellenberg, George | 0001 | MTC-00015024
Eller, Bill 002 | 0001 | MTC-00029367
Eller, Clayton | 0001 | MTC-00013300
Ellet, Albert | 0001 | MTC-00025832
Ellett, G. Baker | 0001 | MTC-00031834
ellieford@ juno.com | 0001 | MTC-00028115
Ellington, Jeremy | 0001 | MTC-00016450
Ellinthorpe, Walter | 0002 | MTC-00021085
Elliot, B. | 0001 | MTC-00006197
Elliot, Becky | 0001 | MTC-00010034
Elliot, Christopher | 0001 | MTC-00021910
Elliot, Clark | 0001 | MTC-00018555
Elliot, Luke | 0001 | MTC-00032861
Elliot, Robert | 0001 | MTC-00022321
Elliot, Valerie | 0001 | MTC-00022364
Elliott, Brian D. | 0001 | MTC-00016753
Elliott, Clark | 0001 | MTC-00018546
Elliott, Geoffrey R. | 0001 | MTC-00017609
Elliott, Ian | 0001 | MTC-00002088
Elliott, Lauren | 0002 | MTC-00024134
Elliott, Lefa | 0001 | MTC-00023279
Elliott, Mal | 0001 | MTC-00004809
Elliott, Patrick | 0001 | MTC-00025034
Ellis Hillinger | 0001 | MTC-00019732
Ellis, Adam | 0001 | MTC-00023093
Ellis, Bob | 0001 | MTC-00018142
Ellis, Bob | 0001 | MTC-00018240
Ellis, David | 0001 | MTC-00002468
Ellis, Duane | 0005 | MTC-00030199
Ellis, George | 0001 | MTC-00005773
Ellis, George O. | 0001 | MTC-00020967
Ellis, George O. | 0001 | MTC-00003884
Ellis, Jack | 0001 | MTC-00022398
Ellis, Jerry | 0002 | MTC-00032190
Ellis, Jerry | 0002 | MTC-00032465
Ellis, Randy | 0001 | MTC-00010250
Ellis, Richard | 0001 | MTC-00012225
Ellis, Rob | 0001 | MTC-00028417
Ellis, Robert | 0001 | MTC-00031871
Ellis, Sam | 0001 | MTC-00029752
Ellis-Stephens, Valeri | 0002 | MTC-00030773
Ellison, Frances | 0001 | MTC-00010148
Ellison, Jan | 0001 | MTC-00021472
Ellison, Lloyd | 0001 | MTC-00022192
Ellison, Lloyd | 0001 | MTC-00022195
Ellison, Marcus Edward | 0001 | MTC-00024365
Ellison, Ralph and Doris | 0001 | MTC-00005352
Ellmaker, Charles | 0001 | MTC-00020901
Ellmer, Joeseph F. | 0001 | MTC-00031711
Ellsworth, Eric | 0001 | MTC-00019472
Ellsworth, Jenny | 0002 | MTC-00004373
Ellsworth, Jenny | 0001 | MTC-00019869
Ellsworth, Scott | 0003 | MTC-00004334
Ellsworth, Scott | 0002 | MTC-00026379
Elmore, Brad | 0001 | MTC-00018717
Elmore, Robert | 0002 | MTC-00030885
elroberson@ juno.com | 0001 | MTC-00028077
Elsey, Bert | 0001 | MTC-00020952
Elshire, Rob | 0001 | MTC-00016500
Elson, Elson | 0001 | MTC-00023683
Elvey, Andy | 0001 | MTC-00006728
Elvinscow@ aol.com | 0001 | MTC-00008479
Elwin, Michael J. | 0001 | MTC-00011895
Emani, Mfume | 0001 | MTC-00033504
Emard, Kathleen | 0001 | MTC-00023959
emares | 0004 | MTC-00019568
Embery, Nathan | 0001 | MTC-00015802
Emblidge, Mark | 0001 | MTC-00031740
Embree, Chris | 0001 | MTC-00003028
Emelianoff, Dimitiri | 0001 | MTC-00028092
Emerins, Paul | 0001 | MTC-00007054
emerk@ gte.net | 0001 | MTC-00011418
Emerson, Andrew | 0001 | MTC-00029602
Emerson, Robert | 0001 | MTC-00002567
Emery, Al | 0001 | MTC-00014618
Emery, Carolyn | 0001 | MTC-00011901
Emery, Joel | 0001 | MTC-00003282
Emery, Michael | 0002 | MTC-00033496
Emery, Ric | 0001 | MTC-00014229
Emesser1@ cs.com | 0001 | MTC-00009177
Emlet, Herry | 0003 | MTC-00028813
Emmerick, Brooke | 0034 | MTC-00028686
Emmert, Nancy | 0001 | MTC-00032332
emmert@ web-access.net | 0001 | MTC-00010906
Emmick, Mary | 0001 | MTC-00028883
Emmons, E. Lamar | 0001 | MTC-00021009
emo101@ juno.com | 0001 | MTC-00011130
emory@ iquest.net | 0001 | MTC-00028128
emoss@ agloan.com | 0001 | MTC-00028623
Empresas | 0001 | MTC-00000654
Emra, John | 0001 | MTC-00009929
eMurphTheSurf@ aol.com | 0001 | MTC-00017292
EMWKM | 0001 | MTC-00018897
Endelman, William | 0001 | MTC-00006105
Enderle, Melissa | 0001 | MTC-00014230
Enders, Amy | 0001 | MTC-00016313
Enders, Edward | 0001 | MTC-00006116
Enders, Tim | 0001 | MTC-00015283
Enders, Timothy | 0001 | MTC-00000837
Enders, Win | 0001 | MTC-00025475
Enders, Win B. | 0001 | MTC-00006982
Enders, Win B. | 0001 | MTC-00012115
Endicott, John | 0001 | MTC-00018381
Endres, Julie | 0001 | MTC-00022598
Eng, Melvin D. | 0001 | MTC-00001338
Engasser, Cheryl | 0001 | MTC-00032784
Engberg, Erik | 0001 | MTC-00030698
Engbers, Dave | 0001 | MTC-00000438
Engel, Anthony | 0001 | MTC-00015876
Engel, Jack | 0002 | MTC-00026268
Engel, John | 0001 | MTC-00016073
Engel, John A. | 0001 | MTC-00007919
engel,Jim | 0001 | MTC-00030519
Engelby, Michael | 0001 | MTC-00015779
Engelman, Curtis | 0001 | MTC-00000664
Engelman, John | 0001 | MTC-00022677
Engfer, Oscar | 0001 | MTC-00032730
Engfer, Oscar | 0001 | MTC-00032953
Engle, Allan | 0001 | MTC-00028783
Englehart, Jeanine | 0001 | MTC-00002728
Engler, Edward L. | 0001 | MTC-00005648
Engler, Jim | 0001 | MTC-00008881
Englert, Michael | 0002 | MTC-00031548
Engles, Diane | 0002 | MTC-00026384
Englihs, Alba | 0001 | MTC-00029647
Englund, Richard | 0002 | MTC-00022544
Engstrom, William | 0001 | MTC-00006762
Engstrom, William | 0001 | MTC-00032372
enkap@ christianlifectr.org | 0001 | MTC-00024239
Enlau, Paula | 0001 | MTC-00029586
Ennis, Randy | 0002 | MTC-00004210
Enoksen, Larry | 0001 | MTC-00005875
Enos, Gary | 0002 | MTC-00027869
Enos, Michael | 0001 | MTC-00017013
Enos, Sharon | 0001 | MTC-00021615
Enos, Sharon | 0001 | MTC-00021634
Enouven, William | 0001 | MTC-00011242
Enright, Carol | 0001 | MTC-00029124
Enright, John | 0001 | MTC-00032729
Ensenbach, Donald L. | 0001 | MTC-00006358
Ensley, Jack | 0001 | MTC-00010231
Enstall, Thomas E. | 0003 | MTC-00015042
Ensteness | 0002 | MTC-00013080
Enterkin, Carl | 0001 | MTC-00022492
Enters, John | 0001 | MTC-00015588
Epbawmanl@ aol.com | 0001 | MTC-00007137
Epling, David G. | 0001 | MTC-00003670
Eppersan, Beth | 0002 | MTC-00024963
Eppert, Brian | 0001 | MTC-00002458
Epple, Todd | 0001 | MTC-00030289
epssr | 0001 | MTC-00025177
Epstein, Marvin | 0001 | MTC-00030796
eragace@ juno.com | 0001 | MTC-00011139
Eranko, Edward | 0002 | MTC-00032172
ERB1927@ aol.com | 0001 | MTC-00029226
Erbaugh, Zachery | 0001 | MTC-00016240
Erdman, Jan | 0001 | MTC-00022798
Erens, Reinier | 0001 | MTC-00002046
Eresoy, Kurt | 0001 | MTC-00007427
Ereth | 0001 | MTC-00016292
Erhardt, Horst | 0001 | MTC-00022464
Eric | 0001 | MTC-00017360
eric@ mns.com | 0001 | MTC-00011431
eric@ northcomp.com | 0001 | MTC-00024815
ericjle@ swbell.net | 0001 | MTC-00014508
Ericksen, Mark | 0001 | MTC-00015769
Erickson, D. | 0001 | MTC-00019454
Erickson, Dave | 0001 | MTC-00019795
Erickson, Dick | 0003 | MTC-00014383
Erickson, Don | 0001 | MTC-00019863
Erickson, Eldon | 0001 | MTC-00008650
Erickson, Eric | 0003 | MTC-00013325
Erickson, Gina L. | 0001 | MTC-00024753
Erickson, J. | 0001 | MTC-00015431
Erickson, John | 0001 | MTC-00006149
Erickson, Leland | 0001 | MTC-00008425
Erickson, Stephen | 0001 | MTC-00030501
Erickson, Steve | 0001 | MTC-00000608
Erickson, Tara | 0002 | MTC-00031645
Erickson, Thayne | 0001 | MTC-00008839
Ericson, Bryan | 0001 | MTC-00015511
Ericson, Gene | 0001 | MTC-00030153
Ericson, Paul | 0001 | MTC-00012377
Ericson, Steve | 0001 | MTC-00003756
Erik | 0001 | MTC-00019538
Eriksen | 0001 | MTC-00024010
Eriksen, John | 0002 | MTC-00011162
Erk, Vivienne | 0002 | MTC-00032493
erkkifin@ mfi.net | 0001 | MTC-00011315
erkkifin@ mfi.net | 0001 | MTC-00011317
Erland, A. | 0001 | MTC-00004040
Erlandson, Duane | 0001 | MTC-00009490
Erlichman, David | 0001 | MTC-00022794
Ernest, Mike | 0001 | MTC-00007336
Ernest, Swight A. | 0001 | MTC-00010272
Ernett, Evan | 0001 | MTC-00030620
Ernst, Chris | 0001 | MTC-00030419
Ernst, Ian | 0002 | MTC-00015620
Ernst, Richard | 0002 | MTC-00018533
Errico, Stephen | 0002 | MTC-00007419
Erskine, Donald | 0001 | MTC-00009563
Erskine, Peter Stephen | 0001 | MTC-00015131
Ertzbischoff, Dennis | 0001 | MTC-00009805
eruthdubuisson@ prodigy.net | 0001 | MTC-00028610
Ervin, Andre | 0002 | MTC-00016497
Ervin, Craig | 0001 | MTC-00005650
Ervin, James | 0001 | MTC-00027631
Ervin, Mike | 0001 | MTC-00008905
Erwin, Chistopher | 0001 | MTC-00018319
Erwin, Jeff | 0001 | MTC-00006528
Esanmiguel@ aol.com | 0001 | MTC-00005998
Escett, David | 0003 | MTC-00003714
Eschegaray, Fernando | 0001 | MTC-00013830
Escher, Shirley and Don | 0001 | MTC-00008667
Eschman, Mike | 0001 | MTC-00015213
Escoto, Ben | 0001 | MTC-00024534
Eselgroth, Ted | 0001 | MTC-00000790
Eshelman, Alan | 0001 | MTC-00016800
Eshelman, Alan | 0001 | MTC-00002393
Eshelman, Dale | 0001 | MTC-00032127
Eshleman, James | 0001 | MTC-00011260
Eshler, Todd | 0001 | MTC-00018103
ESkander, Maria | 0002 | MTC-00027726
Eskelin, John L. | 0001 | MTC-00011981
Eskimopup@ aol.com | 0001 | MTC-00011591
Eskimopup@ aol.com | 0001 | MTC-00005625
Eslcandre, Jonathan | 0001 | MTC-00027721
Eslinger, Eric | 0001 | MTC-00016842
Eslinger, Joan | 0004 | MTC-00029044
ESM@ mac.com | 0001 | MTC-00012720
Esman, Jo Phylis | 0001 | MTC-00029615
Esmarrin@ aol.com | 0001 | MTC-00011549
Esot1@ aol.com | 0001 | MTC-00015900
Espey, John | 0001 | MTC-00008174
Espey,John | 0002 | MTC-00014701
Espinoza, Danny | 0001 | MTC-00016278
Esposito, Ed | 0001 | MTC-00026104
Esposito, Nicholas T. | 0002 | MTC-00025346
Esposito, Paul | 0001 | MTC-00000175
Espy, Sam | 0002 | MTC-00011969
Esrey, Joseph | 0002 | MTC-00027127
Ess, Mike | 0001 | MTC-00012050
Essman, Bob | 0001 | MTC-00029160
Estaba, Carmen and Victor | 0001 | MTC-00006992
Estaba, Victor and Carmen | 0001 | MTC-00011816
Estep, Paul | 0001 | MTC-00019451
Esterkin, Rachad | 0001 | MTC-00017592
Estes, Ethan | 0001 | MTC-00003748
Estes, Guy E. | 0001 | MTC-00008763
Estes, Jeff | 0001 | MTC-00012405
Estes, Mel | 0001 | MTC-00011705
Estes, Stephen | 0001 | MTC-00026245
Estes, Ted | 0001 | MTC-00020088
estevan@ mar.com | 0001 | MTC-00016076
Estevas, Pablo | 0001 | MTC-00017463
Estrada, Aaron | 0001 | MTC-00003738
Esty, Ryan | 0001 | MTC-00003511
Ethridge, Mary Alice | 0001 | MTC-00030403
Ethvignot, Bruno | 0001 | MTC-00003114
Etkin, Mayer | 0003 | MTC-00029354
etspam@ tds.net | 0001 | MTC-00014681
Ettinger, Andrew | 0001 | MTC-00018909
Etzzy@ aol.com | 0001 | MTC-00008707
Eubank, Tom | 0002 | MTC-00011186
Eugel, Joseph | 0001 | MTC-00031065
Eugene | 0001 | MTC-00014304
Eugene Poole | 0001 | MTC-00019741
Eugene; Frantz, Glenn | 0002 | MTC-00007864
Eujen, Leland | 0002 | MTC-00033057
Eure, John | 0001 | MTC-00027261
Evaanch@ aol.com | 0001 | MTC-00014415
Evan, Chris | 0003 | MTC-00033381
Evangelinos, Stefanos | 0001 | MTC-00029946
Evanko, Edward | 0002 | MTC-00032509
Evanko, Edward | 0002 | MTC-00033644
Evans, Ann | 0003 | MTC-00004996
Evans, Barney | 0001 | MTC-00015597
Evans, Cal | 0001 | MTC-00016251
Evans, Chris | 0003 | MTC-00023850
Evans, Dan | 0001 | MTC-00014146
Evans, David | 0002 | MTC-00001257
Evans, Don | 0001 | MTC-00015395
Evans, E.R. | 0001 | MTC-00001031
Evans, Edwin | 0001 | MTC-00008140
Evans, Elizabeth | 0001 | MTC-00004018
Evans, Elizabeth | 0001 | MTC-00007241
Evans, Eric | 0002 | MTC-00016215
Evans, Gary | 0001 | MTC-00005593
Evans, Gerry | 0001 | MTC-00033803
Evans, Gina | 0001 | MTC-00018345
Evans, Holly | 0002 | MTC-00032285
Evans, Israel | 0001 | MTC-00017168
Evans, James G. | 0001 | MTC-00000215
Evans, John | 0001 | MTC-00032018
Evans, Kevin | 0001 | MTC-00000351
Evans, Livia | 0001 | MTC-00029480
Evans, Marge | 0001 | MTC-00029534
Evans, Mark | 0001 | MTC-00001996
Evans, Matthew J. | 0001 | MTC-00014917
Evans, Mike | 0001 | MTC-00013563
Evans, Owen | 0001 | MTC-00016329
Evans, paul | 0001 | MTC-00014378
Evans, Richard | 0003 | MTC-00014639
Evans, Robert | 0001 | MTC-00022823
Evans, Robert | 0001 | MTC-00028100
Evans, Steve | 0001 | MTC-00000577
Evans, Steven | 0001 | MTC-00018205
Evans, Tom | 0001 | MTC-00032989
Evans, Tony | 0001 | MTC-00014825
Evans, Tyson | 0001 | MTC-00013583
evdon2@ juno.com | 0001 | MTC-00011118
Eveland, Mike | 0001 | MTC-00004336
Eveland, Raymond | 0001 | MTC-00007550
Evens, Michael K. | 0001 | MTC-00030099
Evenson, Gary | 0001 | MTC-00032564
Everett, Ballard | 0001 | MTC-00029753
Everett-lane, Michael | 0002 | MTC-00024630
everett@ cwnet.com | 0001 | MTC-00015977
Everhart, Glenn | 0001 | MTC-00015211
Everle, Martin | 0001 | MTC-00016354
Everline, Hugh | 0002 | MTC-00025666
Evers, Steven R. | 0001 | MTC-00010687
Everson, Benjamin | 0001 | MTC-00004617
Everson, Michael Paul | 0001 | MTC-00003909
everydaynow@ worldnet.at.net | 0001 | MTC-00013816
everydaynow@ worldnet.att.net | 0001 | MTC-00013818
Evil Mr. Henry | 0001 | MTC-00003891
evzonegeorge@ juno.com | 0001 | MTC-00011121
Ewald, Robert | 0001 | MTC-00028059
Ewan, James | 0001 | MTC-00013125
Ewan, James H. L. | 0001 | MTC-00002162
Ewell, James | 0001 | MTC-00015160
Ewig, Ralph | 0001 | MTC-00000059
Ewing, Carolyn | 0001 | MTC-00026441
Ewing, Martin | 0001 | MTC-00003232
Ewrin, Jeff | 0002 | MTC-00006734
ewspak@ yahoo.com | 0001 | MTC-00028112
Ex World Internet News | 0001 | MTC-00000016
Exile in Paradise | 0002 | MTC-00003447
exileweb@ hotmail.com | 0001 | MTC-00010925
exnun68@ juno.com | 0001 | MTC-00028137
expressflowers@ juno.com | 0001 | MTC-00010870
Eye, Kevin | 0001 | MTC-00017819
Eye, Sean | 0001 | MTC-00021169
Eyer, Daniel | 0001 | MTC-00022262
Eypka-Hauer, Jared | 0001 | MTC-00027150
Ezar, Joseph | 0001 | MTC-00032928
Ezekiel, Mike | 0001 | MTC-00005239
Ezell, William | 0001 | MTC-00018649
ezrider@ famrc.org | 0001 | MTC-00007420
Ezrine, Paonia | 0001 | MTC-00019218
F, Lou | 0001 | MTC-00008205
F., Frank | 0001 | MTC-00032097
Fa?, City of Santa Barbara | 0001 | MTC-00030546
Faaborg, Kevin A. | 0002 | MTC-00028879
Faas, Vicki | 0001 | MTC-00025651
Faber, Rick | 0001 | MTC-00023045
Fabian, Shirley | 0001 | MTC-00008900
Fabiani, John | 0001 | MTC-00002928
Fabiani, John | 0001 | MTC-00019251
Fabijaaic, Jeff | 0002 | MTC-00028478
Fabish, Thomas J. | 0001 | MTC-00006346
Fabnetti, Ron | 0001 | MTC-00033267
Fabretti, Ronald | 0001 | MTC-00020505
Fabrizio, Randall | 0001 | MTC-00020863
Fabrizio, Robert | 0002 | MTC-00032229
Fadullar, Esteban T. Jr. | 0001 | MTC-00013780
Fagerburg, Eric | 0002 | MTC-00018790
Fago, Matt | 0001 | MTC-00019801
Fahl, Matthew | 0001 | MTC-00002613
Fahrbach, William A. | 0001 | MTC-00006638
Fahrlander, Brian | 0003 | MTC-00014922
Fahrlander, Brian | 0003 | MTC-00003354
Faibish, David | 0001 | MTC-00002674
Faibish, David | 0001 | MTC-00008694
Faillace, Cynthia | 0001 | MTC-00031886
Failor, Edward Jr. | 0001 | MTC-00030037
Failor, Edward O. Jr. | 0001 | MTC-00030033
Fain, Boria | 0002 | MTC-00031069
Fain, Joe | 0001 | MTC-00005474
Fair, Dale | 0001 | MTC-00021629
Fair, John E. | 0002 | MTC-00020880
Fairbank, Adi | 0002 | MTC-00005030
Fairbanks, Dale | 0001 | MTC-00001373
Fairbanks, Raymond | 0002 | MTC-00027964
Fairchild, Don | 0001 | MTC-00018176
Fairchild, Hans | 0001 | MTC-00023133
fairhill@ earthlink.net | 0002 | MTC-00019881
Fairhurst, Eric | 0001 | MTC-00033800
Fairhurst, Eric R. | 0001 | MTC-00000387
Fajkowski, Alex | 0001 | MTC-00016375
Fakamas, A.D. | 0001 | MTC-00031628
fakkos@ hotmail.com | 0001 | MTC-00014544
Fakonas, A.D. | 0001 | MTC-00031579
Fakonas, Tony | 0002 | MTC-00014303
Falatko, Jerry | 0001 | MTC-00017191
FalcD@ aol.com | 0001 | MTC-00009104
Falcon | 0001 | MTC-00000902
falconbridge44@ earthlink.net | 0001 | MTC-00015974
Falcone, Joe | 0004 | MTC-00025742
Faling, Bruce | 0002 | MTC-00009429
Falk, Allen | 0002 | MTC-00014222
Falkenstein, Jeff | 0001 | MTC-00003303
Falks, Kelly L. | 0001 | MTC-00001008
Fallah, Saeed | 0001 | MTC-00030904
Fallon, Scott | 0001 | MTC-00003085
Falls, Holly | 0001 | MTC-00033615
Faltisco, Rich | 0001 | MTC-00010327
Faludi, Jeremy | 0001 | MTC-00000087
Familia Sosa | 0003 | MTC-00000235
Familiar, Bob | 0002 | MTC-00032306
familiar@ acm.org | 0001 | MTC-00010932
Famine, Lord | 0001 | MTC-00018335
FAN1957 | 0001 | MTC-00006610
Fan1957 | 0001 | MTC-00004353
Fandrich, Bryan | 0001 | MTC-00009931
Fane, Saney | 0001 | MTC-00006732
Fang, Michelle | 0001 | MTC-00023370
Fang, Weiqiang | 0001 | MTC-00004887
Fangaellaz, William | 0001 | MTC-00026512
Fangman, Matt | 0001 | MTC-00005723
Fangoons, Henry | 0001 | MTC-00012657
Fankhauser, Henrietta | 0001 | MTC-00013189
Fanning, Gary | 0001 | MTC-00000872
Fanning, Gary N. | 0001 | MTC-00032260
Fantasiezz, Carol | 0001 | MTC-00000275
Faquhar, Barry | 0001 | MTC-00013130
far-iman@ msn.com | 0001 | MTC-00011321
Farabaugh, Jeremy | 0001 | MTC-00018328
Farber, Jay | 0001 | MTC-00026830
Farber, Saul | 0001 | MTC-00016157
FarhnerB@ aol.com | 0001 | MTC-00008287
Faria, Ronald | 0001 | MTC-00021221
Farin, Pat | 0001 | MTC-00031075
Farina, Anita | 0001 | MTC-00010540
Farler, James S. | 0001 | MTC-00001687
Farley, Ben | 0001 | MTC-00015915
Farley, Eileen | 0001 | MTC-00013023
Farley, Frederick A. | 0001 | MTC-00025286
Farley, Mark | 0002 | MTC-00025585
Farley, Marsha | 0001 | MTC-00031215
Farmer, Ronald | 0001 | MTC-00012485
Farmer, Wes | 0001 | MTC-00008460
Farner, Wyonia R. | 0001 | MTC-00011737
Farnham, Jeff | 0001 | MTC-00032856
Farnham, Michael R. | 0001 | MTC-00009610
Farnham, Richard | 0002 | MTC-00026381
Farquuad, Ray | 0001 | MTC-00000448
Farr, Aaron | 0001 | MTC-00002602
Farr, John | 0001 | MTC-00006818
Farral, Steve | 0001 | MTC-00020387
Farrand, Dan | 0001 | MTC-00007171
Farrand, Dan | 0002 | MTC-00016401
Farrand, Tom | 0001 | MTC-00002902
Farrar, Glenn | 0001 | MTC-00012585
Farrell, John L. | 0001 | MTC-00006489
Farrell, Susan | 0002 | MTC-00023032
Farrell, Thomas | 0001 | MTC-00000258
Farrell, Tony | 0001 | MTC-00003248
Farson, Helen | 0001 | MTC-00023862
Farson, Helen | 0002 | MTC-00032211
Farthing, Keith | 0001 | MTC-00011856
Farthing, Lain (not publish name) | 0002 | MTC-00020624
Farwell, Ken | 0001 | MTC-00018670
Farwell, Nick | 0001 | MTC-00001841
Farwell, Paul | 0002 | MTC-00011094
Farwick, Brent | 0001 | MTC-00004910
Fascher, Bonnie | 0001 | MTC-00031039
Fascher, Harvey | 0001 | MTC-00006005
Fasheh, Mark | 0001 | MTC-00018078
Fass, Alice | 0002 | MTC-00030592
Fass, Bill | 0001 | MTC-00022976
Fass, Sheila | 0001 | MTC-00011628
Faster, Michael R. | 0002 | MTC-00030884
Fauer, Ron | 0002 | MTC-00000569
Faughn, Bonnie | 0001 | MTC-00020818
Faughn, Justin | 0001 | MTC-00023979
Faughnan, John | 0001 | MTC-00019919
Faulconer, Philip W. | 0001 | MTC-00019824
Faulhaber, Bob | 0001 | MTC-00014112
Faulk, Donald | 0001 | MTC-00030131
Faulkner, Charles | 0002 | MTC-00027910
Faulkner, Frederick | 0002 | MTC-00033102
Faunce, Ron | 0002 | MTC-00029475
Faure, Steve | 0001 | MTC-00020575
Fauretti, Piero | 0001 | MTC-00012929
Fausett, Shane | 0001 | MTC-00009202
Fautch, William R. | 0002 | MTC-00026883
Favazzo, Vincent | 0001 | MTC-00023416
Favetti, M.V. | 0001 | MTC-00009499
Favor, Michael | 0001 | MTC-00024845
Favretti, Pierro | 0001 | MTC-00002330
Fawcett, Erika | 0001 | MTC-00023275
Fawcett, John | 0002 | MTC-00016425
Fay, Thomas J. | 0001 | MTC-00009445
Faye, Donna | 0001 | MTC-00009400
Faye, Judy | 0001 | MTC-00005541
Faylor, Earl | 0001 | MTC-00006591
Fazekas, Bryan | 0001 | MTC-00000044
fbb@ linux.net.cn | 0001 | MTC-00019511
Fearis, DavidIII | 0001 | MTC-00029118
Fears, Dave | 0002 | MTC-00003349
Feathers, Brian L. | 0001 | MTC-00016858
Feazel, Terry | 0001 | MTC-00027264
febetz@ toad.net | 0001 | MTC-00028588
Fedders, David | 0001 | MTC-00011863
Feddirko, George | 0001 | MTC-00021564
Federspiel, Fred J. | 0001 | MTC-00021115
Fedor, Janis | 0001 | MTC-00021017
Fedor, Joan | 0001 | MTC-00029157
Fedorchak, Albert | 0001 | MTC-00027744
Fedrigon, Don | 0001 | MTC-00027053
Feeney, Brian | 0001 | MTC-00025569
Feeney, Robert | 0001 | MTC-00008413
Feeney, Tom and Kallinger, Jim | 0002 | MTC-00031726
Feero, Robert | 0001 | MTC-00022126
Fege, Joe | 0001 | MTC-00008634
Fehm | 0001 | MTC-00029583
Fehr Jarred | 0001 | MTC-00024563
Feighny, James | 0002 | MTC-00033663
Feign, David | 0001 | MTC-00027293
Feikes, JoAnn | 0001 | MTC-00008188
Feild, James | 0002 | MTC-00032471
Feingold, Vera | 0002 | MTC-00009646
Feinstein, Marlene and Alan | 0001 | MTC-00008728
Fejer, Gergely | 0002 | MTC-00016366
Felbab, James R. | 0001 | MTC-00001158
Felbab, James R. | 0001 | MTC-00008220
Felbab, Jim R. | 0001 | MTC-00001422
Feldbauer, Robert | 0001 | MTC-00017083
Felder, Clifford | 0001 | MTC-00002559
Feldman, Alan | 0001 | MTC-00008850
Feldman, Geoffrey | 0001 | MTC-00006151
Feldman, Geoffrey | 0002 | MTC-00022819
Feldman, Geoffrey | 0001 | MTC-00026157
Feldman, Geoffrey | 0001 | MTC-00027250
Feldman, Jules | 0001 | MTC-00028323
Feldman, Ron | 0002 | MTC-00000183
Felice, Don | 0001 | MTC-00000449
Felice, Jason | 0002 | MTC-00016336
Felice, Mary | 0001 | MTC-00006579
Feligno, JoAnn | 0001 | MTC-00031041
Felix, Frances | 0001 | MTC-00015074
Felix, Patricia | 0001 | MTC-00030957
felix@ crowtix.com | 0002 | MTC-00013136
Felizando, Claude | 0001 | MTC-00020031
Felker, Daniel | 0001 | MTC-00018068
Fell, Steven | 0001 | MTC-00018916
Feller, Jack | 0001 | MTC-00031961
Feller, Joy | 0001 | MTC-00023059
Fellner, Clayton | 0001 | MTC-00028354
Fellows, Robert T. | 0001 | MTC-00011668
Felman, Barbara | 0001 | MTC-00007213
Felmey, Kathleey | 0001 | MTC-00027541
Felsberg, Robert | 0001 | MTC-00008642
Felske, David | 0001 | MTC-00007151
Felske, David | 0001 | MTC-00023290
Feltner, Karen | 0002 | MTC-00013793
Felton, Ian | 0001 | MTC-00016915
Felton, James E. | 0001 | MTC-00000186
Felton, James E. | 0003 | MTC-00024076
Felton, Thom | 0001 | MTC-00018413
Felts, Margaret | 0001 | MTC-00010251
Felts, Paul | 0001 | MTC-00018802
Felts, Tom | 0001 | MTC-00015428
Fenchek, Jack | 0001 | MTC-00020893
Fenchel, Jack | 0001 | MTC-00007360
Fenchel, Jack | 0002 | MTC-00005017
Fenerty, Patrick | 0001 | MTC-00020533
Fenimore, Dale | 0002 | MTC-00000504
Fennell, Brian | 0001 | MTC-00013319
Fennell, Tom | 0001 | MTC-00011021
Fenner, Fred | 0001 | MTC-00018609
Fennerty, Francis E. | 0001 | MTC-00006483
Fenno, Don and Arlene | 0001 | MTC-00030516
Fenrich, Gary | 0001 | MTC-00002487
Fenrich, Joyce | 0001 | MTC-00022022
Fenske, J anice | 0001 | MTC-00012693
Fenske, Marcella | 0001 | MTC-00000601
Fenske, Marcella | 0001 | MTC-00005982
Fenske, Marcella | 0001 | MTC-00005999
Fenstad, jo | 0002 | MTC-00016086
Fensterman, Phoebe | 0001 | MTC-00025909
Fenton, Dave | 0001 | MTC-00010747
Fenton, Jeanette | 0001 | MTC-00022728
Fenton, Martin | 0001 | MTC-00022015
Fenton, Scott | 0001 | MTC-00022865
Fenwick, Chris | 0001 | MTC-00019517
Fenwick, David | 0001 | MTC-00020435
Feratherstone, Chuck | 0001 | MTC-00030003
Ferber, Rob | 0001 | MTC-00002551
Ferebee, Charles | 0002 | MTC-00032289
Fergusen, Robert | 0001 | MTC-00009803
Fergusen, Warren | 0001 | MTC-00016230
Ferguson, Andrew | 0001 | MTC-00019629
Ferguson, James Justin | 0001 | MTC-00013565
Ferguson, Jay | 0001 | MTC-00007398
Ferguson, Joyce | 0001 | MTC-00026593
Ferguson, Michael | 0001 | MTC-00004856
Ferguson, Pat | 0001 | MTC-00008766
Ferguson, Patricia | 0001 | MTC-00031875
Ferguson, RA | 0001 | MTC-00020799
Ferguson, Steven | 0001 | MTC-00020434
Ferguson, Todd | 0002 | MTC-00024391
Ferguson, Todd Louis | 0002 | MTC-00024757
Ferkaluk, Mary Lynn | 0001 | MTC-00020170
Ferland, Jeff | 0002 | MTC-00012834
Ferlatte, Mark | 0001 | MTC-00017564
Ferlauto, Thomas | 0001 | MTC-00024705
Fernandes, David-James | 0002 | MTC-00013558
Fernandes, Michael | 0001 | MTC-00022760
Fernandez, Daniel | 0001 | MTC-00009183
Fernandez, Sylvia | 0001 | MTC-00030029
Fernbach, Ewald | 0003 | MTC-00025693
Fernee, Richard | 0001 | MTC-00013627
Fernhout, Paul | 0001 | MTC-00018061
Ferone, Nick | 0001 | MTC-00026723
Ferragut, Ted | 0001 | MTC-00003255
Ferrari, Marge | 0001 | MTC-00007633
Ferraro, Fred | 0001 | MTC-00003577
Ferraro, James | 0001 | MTC-00005370
Ferraro, James | 0001 | MTC-00020950
Ferraro, James | 0002 | MTC-00030077
Ferraro, James A. | 0001 | MTC-00011254
Ferreira, Louis W. | 0001 | MTC-00009886
Ferreira, Pedro | 0001 | MTC-00005779
Ferrell, Eddie | 0001 | MTC-00020229
Ferrell, Robert & Byrd, Joe | 0002 | MTC-00029432
Ferrer, Maria | 0001 | MTC-00030069
Ferrini, Martin | 0001 | MTC-00012895
Ferris, Nathan | 0001 | MTC-00021984
Ferris, Nathan | 0001 | MTC-00021990
Ferrovecchio, Emilia | 0001 | MTC-00013858
Ferrovecchio, Joseph J. | 0001 | MTC-00013853
Ferry, Michael E. | 0001 | MTC-00018669
Ferson, Scott | 0002 | MTC-00029922
Fessler, Jeff | 0001 | MTC-00002826
Fessler, Joe | 0001 | MTC-00019640
Fessler, Travis | 0001 | MTC-00022278
Fester, Dale | 0001 | MTC-00009670
Fether, Jon | 0002 | MTC-00015253
Fetrau, David | 0002 | MTC-00027443
Fette, Keith | 0002 | MTC-00009562
Fetuadjiev, Kalin | 0001 | MTC-00015890
Fever, Jared | 0001 | MTC-00013316
Feverbacher, Dennis | 0002 | MTC-00016475
Fey, Thomas | 0001 | MTC-00031763
Feyertag, Ethel | 0001 | MTC-00009306
feynerstation@ hotmail.com | 0001 | MTC-00028245
Fghewitt@ juno.com | 0001 | MTC-00028118
fghill@ hotmail.com | 0001 | MTC-00028633
Fiala, Rhoda | 0001 | MTC-00005691
Fichthorn, Nate | 0001 | MTC-00018599
Fick, Dwain | 0001 | MTC-00029217
Fick, Ollie | 0001 | MTC-00006134
Fickenwirth, Robert P. | 0001 | MTC-00025631
Fiddelke, Scott | 0001 | MTC-00015529
Fieberg, Paul | 0001 | MTC-00006592
Fiechter, Fred | 0001 | MTC-00008292
Fiedler, Jon | 0001 | MTC-00015935
Fiedor, Kent | 0001 | MTC-00006128
Fiedoruk, Luri | 0001 | MTC-00015092
Fiegas, Barbara | 0001 | MTC-00027733
Field, Alan | 0002 | MTC-00019287
Field, Charles | 0001 | MTC-00030166
Field, Frank | 0001 | MTC-00014965
Field, John | 0001 | MTC-00032952
Field, Ken | 0001 | MTC-00000665
Field, Tom | 0001 | MTC-00006210
Field, Tom | 0001 | MTC-00021560
Field, Tom | 0001 | MTC-00018409
Fielder, Carolyn | 0001 | MTC-00013207
Fields, Douglas P | 0002 | MTC-00031080
Fields, Douglas P. | 0001 | MTC-00031166
Fields, Joseph John | 0001 | MTC-00007448
Fields, Mary | 0001 | MTC-00010193
Fields, Noah | 0001 | MTC-00002118
Fields, Paul | 0001 | MTC-00023509
Fields, Rick | 0001 | MTC-00013799
Fields, Scott | 0001 | MTC-00023571
Fields, Scott L. | 0007 | MTC-00023556
Fiene, Curtis L. | 0001 | MTC-00001675
Fies, Michael | 0001 | MTC-00031283
Fife, Donald A. | 0001 | MTC-00006318
Fife, Donald A. | 0001 | MTC-00012927
Figarsky, Ed | 0001 | MTC-00014958
Figg, Ann Ruth & Eugene | 0001 | MTC-00001361
fighterpilot@ home.com | 0001 | MTC-00010359
Figley, Larry | 0001 | MTC-00012457
Figlozzi, Mark | 0004 | MTC-00024197
Figone, Robert | 0001 | MTC-00011175
Figueroa, C. | 0001 | MTC-00005229
Figungho, Semper | 0001 | MTC-00002105
Fila, Bob | 0001 | MTC-00001395
Filar, Kenneth | 0001 | MTC-00000917
File, Jason | 0001 | MTC-00017540
Filiatreau, Elizabeth | 0001 | MTC-00020550
Filip, Radu | 0006 | MTC-00018879
Filipiak, Brian | 0001 | MTC-00027799
Filla, Tina | 0001 | MTC-00030425
Filler, Mark G. | 0001 | MTC-00005671
Filley, Dwight | 0002 | MTC-00031547
Fillmore, Scott J. | 0001 | MTC-00005739
Fillmore, Triston | 0003 | MTC-00030409
Filson, Ian | 0001 | MTC-00026254
Finamore, Lucille | 0001 | MTC-00008270
Finbre, James | 0001 | MTC-00030865
Finch, Chip | 0001 | MTC-00013704
Finch, Chip | 0001 | MTC-00019856
Finch, Felix | 0001 | MTC-00016200
Finch, William | 0001 | MTC-00013933
Fincher, Glenn | 0001 | MTC-00005092
Finchum, Anthony | 0001 | MTC-00032066
Findley, Barbara | 0003 | MTC-00028736
Findley, Susan | 0001 | MTC-00010006
Fine, Gary | 0001 | MTC-00008583
Fine, Tamara | 0001 | MTC-00025638
Finegan, R. | 0001 | MTC-00022757
Finegold, Richard | 0001 | MTC-00020342
Finell, R. | 0001 | MTC-00000165
Fineman, Mel | 0002 | MTC-00033305
Finerty, Patrick S. Jr. | 0001 | MTC-00016351
Finesmith, Max | 0001 | MTC-00028859
Finey, Michael | 0001 | MTC-00031473
Fining, Steven | 0001 | MTC-00015326
Fink, Carl | 0001 | MTC-00001452
Fink, Lois | 0001 | MTC-00021582
Fink, Steve | 0001 | MTC-00020165
Finke, Detmar | 0001 | MTC-00011703
Finkeldei, Scott | 0001 | MTC-00020050
Finkelstein, Jeff | 0001 | MTC-00012555
Finkelstein, Jonathan | 0001 | MTC-00031506
Finley, David | 0001 | MTC-00022002
Finley, Gregg E. | 0001 | MTC-00012228
Finley, Richard | 0001 | MTC-00000670
Finn, Brian | 0001 | MTC-00018473
Finn, Ronald K. | 0001 | MTC-00028273
Finnegan, John | 0001 | MTC-00015755
Finnegan, Patrick | 0001 | MTC-00016913
Finnegan, Robert | 0001 | MTC-00022866
Finney, Michael | 0001 | MTC-00003008
Finney, Michael | 0001 | MTC-00002510
Finney, Richard | 0001 | MTC-00003186
Finney, Richard | 0001 | MTC-00016270
Finney, Sean | 0001 | MTC-00023984
Finnigan, Peter | 0001 | MTC-00012997
Finocchiaro, Alfonso | 0001 | MTC-00007613
Finortis | 0005 | MTC-00004818
Fiocco, Kim | 0001 | MTC-00010037
Fiorendino, Rob | 0001 | MTC-00001246
Fiori, Vanessa | 0001 | MTC-00031598
Firesen, Harlan | 0001 | MTC-00029495
First Last | 0001 | MTC-00003852
firstaborea@ worldnet.att.net | 0001 | MTC-00010909
Firth, Jenny | 0002 | MTC-00009113
Fisch, Edwin | 0002 | MTC-00033132
Fisch, Ernie | 0001 | MTC-00023026
Fisch, Ernie | 0001 | MTC-00024912
Fischee, Criag | 0001 | MTC-00005738
Fischer, Betty | 0001 | MTC-00026369
Fischer, Danny | 0001 | MTC-00029080
Fischer, Edward P. | 0001 | MTC-00006895
Fischer, Gordon | 0001 | MTC-00015880
Fischer, Jerre | 0002 | MTC-00023417
Fischer, Les | 0003 | MTC-00023882
Fischer, Mark | 0001 | MTC-00021607
Fischer, Robert | 0002 | MTC-00004931
Fischer, William | 0002 | MTC-00019855
Fish, Chris | 0001 | MTC-00015539
Fish, Christopher | 0001 | MTC-00016657
Fish, Christopher | 0001 | MTC-00016824
Fish, Christopher | 0001 | MTC-00006512
Fish, Joe | 0002 | MTC-00017879
Fish, John | 0001 | MTC-00021764
Fishbein, Jeffrey L. | 0001 | MTC-00018586
Fisher | 0001 | MTC-00033417
Fisher, Bennett | 0001 | MTC-00009069
Fisher, Brian M. | 0001 | MTC-00015489
Fisher, Charles | 0001 | MTC-00011840
Fisher, Charles | 0001 | MTC-00006146
Fisher, Craig | 0002 | MTC-00017497
Fisher, David | 0001 | MTC-00029027
fisher, David | 0001 | MTC-00022548
Fisher, David | 0001 | MTC-00009992
Fisher, Dennis | 0002 | MTC-00033107
Fisher, Ed | 0001 | MTC-00014284
Fisher, Eric | 0002 | MTC-00019560
Fisher, Floyd | 0001 | MTC-00025542
Fisher, Frankie | 0001 | MTC-00014928
Fisher, Gary | 0001 | MTC-00020512
Fisher, Hank | 0001 | MTC-00019071
Fisher, John | 0001 | MTC-00031867
Fisher, Marc | 0001 | MTC-00019523
Fisher, Mariann | 0001 | MTC-00007446
Fisher, Mary | 0001 | MTC-00020292
Fisher, Mel | 0001 | MTC-00003279
Fisher, Mike | 0001 | MTC-00006574
Fisher, Morton D. | 0001 | MTC-00007399
Fisher, Nick | 0001 | MTC-00017034
Fisher, Robert A. | 0001 | MTC-00009167
Fisher, Steve | 0001 | MTC-00004884
Fisher, Taru | 0001 | MTC-00002072
Fisher, Tom | 0001 | MTC-00012209
Fisher, Wayne | 0001 | MTC-00020350
Fishman, Josh | 0002 | MTC-00017717
Fishman, Marc | 0001 | MTC-00001048
Fisk, Bill | 0001 | MTC-00009146
Fisk, Criag | 0001 | MTC-00000881
Fisk, Edie | 0001 | MTC-00023991
Fisk, Edie L. | 0001 | MTC-00000559
Fisk, Gwen | 0002 | MTC-00032220
Fisk, Gwen | 0001 | MTC-00011170
Fisk, Kevin | 0001 | MTC-00004868
Fisk, William and Gwen | 0001 | MTC-00005108
Fister, Rick | 0001 | MTC-00014051
Fitch, Christopher | 0002 | MTC-00024462
Fitch, Kevin | 0001 | MTC-00016507
Fitch, Kevin | 0001 | MTC-00017185
Fitch, Micah | 0002 | MTC-00014408
Fitchette, Thomas | 0002 | MTC-00003588
Fitchette, Thomas | 0002 | MTC-00003589
Fite, Billy | 0002 | MTC-00026060
Fitterer, Dylan | 0001 | MTC-00018674
Fitts, Darrell | 0001 | MTC-00023175
Fitzgerald, Allen | 0001 | MTC-00001971
Fitzgerald, Dan | 0001 | MTC-00006880
Fitzgerald, Ed | 0001 | MTC-00006861
Fitzgerald, Micael | 0001 | MTC-00008313
Fitzgerald, Michael | 0001 | MTC-00002044
Fitzgerald, Peggy | 0002 | MTC-00009093
Fitzgerald, Shawn | 0001 | MTC-00021082
Fitzgerald, Shawn | 0001 | MTC-00000927
Fitzgerald, Thomas | 0001 | MTC-00022608
Fitzhugh, Linda | 0001 | MTC-00012213
Fitzpatrick, Adrian | 0001 | MTC-00020949
Fitzpatrick, Adrian M. | 0001 | MTC-00028017
Fitzpatrick, D. | 0001 | MTC-00005700
Fitzsimmons, Bob | 0001 | MTC-00011875
Fitzsimmons, Jeannine | 0001 | MTC-00029698
Fitzsimmons, Richard | 0001 | MTC-00008186
Fiukberner, David | 0001 | MTC-00022867
Fix It | 0001 | MTC-00024837
Fix, Donald F. | 0001 | MTC-00025933
Fix, Steve | 0001 | MTC-00012557
Fixemar, Jeremy | 0002 | MTC-00023484
Fj568@ juno.com | 0001 | MTC-00010428
fjb8@ cornell.edu | 0001 | MTC-00015958
Fjerstad, Erik | 0001 | MTC-00002750
fkokawa@ hmausa.com | 0001 | MTC-00012620
Fkroos, Arthur K. | 0001 | MTC-00031821
Fladebo, David | 0001 | MTC-00006080
Flagg, Cris | 0001 | MTC-00021197
Flagg, Richard | 0001 | MTC-00000972
Flagg, Tony | 0001 | MTC-00024219
Flahenty, Stephen | 0001 | MTC-00032595
Flaherty, Peter T. | 0001 | MTC-00030340
Flaherty, Stephen | 0001 | MTC-00032549
Flaherty, Stephen | 0001 | MTC-00032981
Flaig, Gerd | 0001 | MTC-00018840
Flake, George | 0001 | MTC-00012714
Flake, George | 0001 | MTC-00005265
Flanagan, Richard | 0001 | MTC-00031938
Flanegan, Christina | 0001 | MTC-00011199
Flanegan, Dan | 0001 | MTC-00011200
Flanegan, Sean | 0001 | MTC-00012842
Flanegan, Sean | 0001 | MTC-00012844
Flanigan, Ian | 0001 | MTC-00018716
Flanigan, Dan | 0001 | MTC-00009148
Flanigan, George | 0001 | MTC-00032844
Flatline, Dixie | 0001 | MTC-00020167
Flatray, David | 0001 | MTC-00020402
Flavien@ aol.com | 0001 | MTC-00005335
Fleck, Christopher Lee | 0001 | MTC-00014883
Fleck, Robert H. | 0001 | MTC-00008561
Fleeman, Doby | 0001 | MTC-00026179
Fleet, Ray and Ruby | 0001 | MTC-00010047
Fleischman, Bernard | 0002 | MTC-00026836
Fleisher, ISabel | 0001 | MTC-00005675
Fleishman, Raphael | 0001 | MTC-00024593
Fleishman, Raphael | 0003 | MTC-00026412
Flemer, James | 0001 | MTC-00018126
Fleming, Bob | 0001 | MTC-00020535
Fleming, Bob | 0001 | MTC-00005934
Fleming, Casey | 0001 | MTC-00026320
Fleming, Donald | 0008 | MTC-00000864
Fleming, Grant J. | 0001 | MTC-00021712
Fleming, Jaclyn | 0001 | MTC-00032609
Fleming, Jason G. | 0001 | MTC-00027277
Fleming, Mark | 0001 | MTC-00030727
Fleming, Michael | 0001 | MTC-00031379
Fleming, Ned | 0001 | MTC-00025819
Fleming, Patrick | 0002 | MTC-00026984
Flenner, Ron and Lucy | 0001 | MTC-00008200
Fleschner, Kurt | 0001 | MTC-00026410
Fletcher, Bill | 0001 | MTC-00030382
Fletcher, Boyd | 0002 | MTC-00020033
Fletcher, David | 0001 | MTC-00012879
Fletcher, E. | 0001 | MTC-00020014
Fletcher, Elizabeth | 0001 | MTC-00004326
Fletcher, Michael | 0002 | MTC-00033291
Fletcher, Nick | 0001 | MTC-00026463
Fletcher, Philip | 0002 | MTC-00021521
Fleur | 0001 | MTC-00011150
Flickinger, Reid | 0001 | MTC-00028659
Flink, Evan | 0001 | MTC-00023790
Flint, Margaret | 0001 | MTC-00013726
Flint, Wally | 0003 | MTC-00004779
Flint, William | 0001 | MTC-00021865
Flohr, John C. | 0001 | MTC-00031784
Flood, Graham | 0001 | MTC-00005475
Florea, Nathan | 0002 | MTC-00027608
Flores, Carina F. | 0002 | MTC-00029053
Flores, Herbert | 0002 | MTC-00024527
Flores, John G. | 0003 | MTC-00031764
Flores, Richard | 0002 | MTC-00011217
Florian | 0001 | MTC-00025698
Florian, Kent | 0001 | MTC-00017830
Flory, David | 0001 | MTC-00002035
Flory, Rob | 0001 | MTC-00007768
Floura, Ranvir | 0001 | MTC-00029106
Flower, David | 0001 | MTC-00023732
Flowers, Bobbie Dee | 0001 | MTC-00011182
Flowers, Christan | 0001 | MTC-00022912
Flowers, Sheldon | 0002 | MTC-00033476
Flowling@ aol.com | 0001 | MTC-00012604
Floyd, Charles | 0002 | MTC-00002316
Floyd, E. | 0001 | MTC-00004795
Floyd, Marih | 0001 | MTC-00021351
Floyd, Monty C. | 0001 | MTC-00028521
Floyd, Scott | 0001 | MTC-00023497
Floyd, Terry | 0002 | MTC-00028935
Fluegel, Curt | 0002 | MTC-00030065
Flugstad, Pete | 0001 | MTC-00016001
Fluty, Josh | 0001 | MTC-00024471
Flynn, Christopher | 0001 | MTC-00017068
Flynn, Derek | 0001 | MTC-00016373
Flynn, Eileen | 0002 | MTC-00032491
Flynn, Hank | 0001 | MTC-00006779
Flynn, Hugh | 0002 | MTC-00032487
Flynn, James | 0001 | MTC-00005546
Flynn, Pauline | 0001 | MTC-00020820
Flynn, Ryan | 0001 | MTC-00015414
Flynn, Sean | 0001 | MTC-00004482
Flynn, Sean | 0001 | MTC-00001320
Flynn, Sean | 0001 | MTC-00008166
Flynt, Rob | 0001 | MTC-00025617
Fochler, Jerry | 0001 | MTC-00014142
Fodi, Virginia | 0002 | MTC-00023795
Fodor, John | 0001 | MTC-00025420
Foelsche, Arthur | 0001 | MTC-00015148
Foerster, Bill | 0002 | MTC-00028773
Foerster, Scott | 0001 | MTC-00002911
Foerster, Steve | 0001 | MTC-00011365
Foertsch, Bryan | 0001 | MTC-00006536
Fogal, Pierre | 0003 | MTC-00004945
Fogelson, Roger | 0001 | MTC-00008529
Fogg, Donald | 0002 | MTC-00033441
Fogg, Frederick | 0001 | MTC-00000354
Fogg, Mike E. | 0001 | MTC-00007894
Fogle, Michelle | 0001 | MTC-00032886
Fohey, Scott | 0001 | MTC-00018741
Foland, Mike | 0001 | MTC-00025916
Folck, Travis | 0002 | MTC-00003767
Foldenaur, Matthew | 0001 | MTC-00005492
Foley, JAck | 0003 | MTC-00031255
Foley, John | 0001 | MTC-00001258
Foley, Joseph | 0001 | MTC-00015877
Foley, Lucia | 0001 | MTC-00010851
Foley, Michale | 0001 | MTC-00028790
Foley, Mike | 0002 | MTC-00033686
Foley, Mike | 0002 | MTC-00033832
Foley, Sharon | 0002 | MTC-00033445
Folger, Troy | 0001 | MTC-00021714
Foli, Brian | 0001 | MTC-00003251
Folino, John | 0001 | MTC-00007965
Folk, John | 0001 | MTC-00021854
Follmer, Fred | 0002 | MTC-00013692
Folmar, Willson | 0001 | MTC-00032643
Folsam, Keith E. | 0002 | MTC-00027436
Folsom, Jamie | 0001 | MTC-00028364
Folsom, Keith E. | 0002 | MTC-00033536
Folz, Allan | 0001 | MTC-00016960
Folz, Gary L. | 0001 | MTC-00000704
Fonda, Greg | 0002 | MTC-00018747
Fong, Chester C. | 0002 | MTC-00009186
Fong, Chung | 0001 | MTC-00019096
Fong, hester | 0001 | MTC-00032405
Fonner, Jean | 0001 | MTC-00007601
Fonner, Jean | 0001 | MTC-00022087
Fontana, Rick | 0001 | MTC-00008519
Fontanilla, Eric | 0002 | MTC-00028351
Fontanilla, Jennifer | 0002 | MTC-00028366
Fontenot, Ross | 0001 | MTC-00008506
Fonter, David E. | 0001 | MTC-00031146
Fonvergne, Wesley | 0001 | MTC-00016919
Forat, Eric C. | 0001 | MTC-00024725
Forat, Eric D. | 0001 | MTC-00002198
Forbes, James E. | 0001 | MTC-00000970
Forbes, Scott | 0001 | MTC-00013288
Forbes, Spike | 0003 | MTC-00009985
Forbes, Tamela | 0001 | MTC-00025740
Force, Solid | 0001 | MTC-00019955
Ford, Alan M. | 0002 | MTC-00027914
Ford, Ben | 0001 | MTC-00018323
Ford, Clayton | 0001 | MTC-00023843
Ford, Colleen | 0001 | MTC-00018719
Ford, David | 0001 | MTC-00014811
Ford, Emery | 0001 | MTC-00016038
Ford, Fred C. | 0001 | MTC-00002103
Ford, Frederick | 0001 | MTC-00008213
Ford, Jack | 0001 | MTC-00005152
Ford, Jim | 0001 | MTC-00028576
Ford, john | 0002 | MTC-00014110
Ford, John | 0001 | MTC-00015088
Ford, Lindsey | 0001 | MTC-00007836
Ford, Marjorie M. | 0001 | MTC-00007932
Ford, Richard | 0001 | MTC-00019998
Ford, Rod | 0001 | MTC-00002651
Ford, Ronald T. | 0001 | MTC-00011239
Ford, Stan | 0001 | MTC-00002187
Forde, George | 0003 | MTC-00031064
Forde, George S. Jr. | 0003 | MTC-00010366
Fordham, Jean | 0001 | MTC-00032769
Fordham, Sharon | 0001 | MTC-00004926
Foreman | 0001 | MTC-00005079
Foreman, David | 0001 | MTC-00033700
Foreman, Wilfred and Imogene | 0001 | MTC-00026459
Forest, Carl | 0002 | MTC-00029013
Forester, Carl | 0001 | MTC-00005175
Forgey, Robert | 0002 | MTC-00019579
Forinash, John D. | 0001 | MTC-00018867
Forish, Jason | 0002 | MTC-00032294
Forkazoo2@ aol.com | 0002 | MTC-00018630
Forlowe, Wade | 0002 | MTC-00020204
Forman, Paul | 0002 | MTC-00021037
Formancer, Chris | 0001 | MTC-00017842
Formanek, Rosemary | 0001 | MTC-00026745
Formwalt, W.E. | 0001 | MTC-00006890
Fornadley, B. J. | 0001 | MTC-00005549
Fornadley, BJ | 0001 | MTC-00011701
Forno, Richard | 0008 | MTC-00027193
Foropoulos, Lee | 0001 | MTC-00007308
Forouhar, Andy | 0002 | MTC-00028982
Forr, John | 0001 | MTC-00016133
Forray, George | 0001 | MTC-00032787
Forrest, David | 0001 | MTC-00015868
Forrest, Kent | 0001 | MTC-00024605
Forrest, Victoria | 0003 | MTC-00009620
Forrester, James | 0001 | MTC-00018988
Forry, MaryAnn | 0001 | MTC-00021171
Forslund, Curtis | 0001 | MTC-00006112
forspan2@ yahoo.com | 0001 | MTC-00024789
Forster, B. | 0001 | MTC-00026550
Forster, Connie and Tom | 0001 | MTC-00009158
Forster, Jameson | 0001 | MTC-00027116
Forster, Rudolf | 0001 | MTC-00008039
Forster, Rudolph | 0001 | MTC-00025312
Forsythe, Michael | 0001 | MTC-00002350
Fortain, Eugene | 0001 | MTC-00033370
Fortain, Eugene | 0001 | MTC-00023858
Forte, Heather | 0001 | MTC-00030928
Fortenbery, Jasper | 0001 | MTC-00010045
FORTIERSLS@ aol.com | 0001 | MTC-00006313
Fortin, Michael | 0001 | MTC-00004063
Fortlage, J. | 0001 | MTC-00026148
Fortman, Scott | 0001 | MTC-00002462
Fortman, Scott | 0001 | MTC-00003095
Fortman, Steven | 0001 | MTC-00023071
Fortmann, Deith | 0001 | MTC-00029929
Fortmann, Keith | 0002 | MTC-00031880
Fortuna, Grace | 0001 | MTC-00029187
Foshee, Dave | 0001 | MTC-00006517
Foss, Joyce | 0001 | MTC-00025375
Foster, Bill | 0001 | MTC-00031177
Foster, Byron | 0002 | MTC-00031932
Foster, Charles W. | 0001 | MTC-00020247
Foster, David | 0001 | MTC-00019543
Foster, David R. | 0001 | MTC-00018434
Foster, Donald | 0001 | MTC-00007784
Foster, Duane | 0001 | MTC-00031923
Foster, Geof | 0001 | MTC-00011849
Foster, George | 0001 | MTC-00023020
Foster, Gifford | 0001 | MTC-00009678
Foster, Greg | 0001 | MTC-00015035
Foster, Harry | 0001 | MTC-00002864
Foster, James W. III | 0001 | MTC-00016268
Foster, Jeremiah | 0001 | MTC-00003710
Foster, John | 0001 | MTC-00013524
Foster, L.C. | 0001 | MTC-00007660
Foster, Ludmila | 0001 | MTC-00012298
Foster, Rob | 0001 | MTC-00005120
Foster, Stan | 0001 | MTC-00008486
Foster, Stephen | 0001 | MTC-00020573
Foster, William | 0001 | MTC-00029214
Fosterknows, Ahe | 0001 | MTC-00027392
Fotter, Matt | 0001 | MTC-00003415
Fougere, Jay | 0001 | MTC-00020977
Foundotos, Georgia | 0001 | MTC-00028378
Fountain, Frank | 0001 | MTC-00024400
Fountain, Stephen | 0001 | MTC-00024717
Fountain, Susan | 0001 | MTC-00019648
four5zero@ yahoo.com | 0001 | MTC-00018012
Fourie, Eduard | 0001 | MTC-00025762
Foushee, David | 0001 | MTC-00023167
Foust, Ursula W. | 0001 | MTC-00007310
Foutch, Morris C. | 0001 | MTC-00004337
Fouts, Barbara | 0001 | MTC-00013439
Fouts, Keith | 0001 | MTC-00011846
Fouts, Keith | 0001 | MTC-00009444
Fowble, Marilyn | 0001 | MTC-00011941
Fowler, Andrew | 0001 | MTC-00001535
Fowler, Carole | 0002 | MTC-00012052
Fowler, David | 0001 | MTC-00023277
Fowler, Jon | 0001 | MTC-00004039
Fowler, Luke | 0001 | MTC-00024325
Fowler, Mike | 0002 | MTC-00011545
Fowler, Monty | 0001 | MTC-00032619
Fowler, Robert | 0001 | MTC-00015010
Fowler, Sandi | 0001 | MTC-00011739
Fowler, Timothy J. | 0002 | MTC-00017480
Fowler, William | 0001 | MTC-00015574
Fox, Andrew | 0001 | MTC-00011471
Fox, Andrew | 0001 | MTC-00005756
Fox, Anthony W. | 0001 | MTC-00005119
Fox, Bill | 0002 | MTC-00004616
Fox, Brian | 0001 | MTC-00014373
Fox, Charles | 0001 | MTC-00029970
Fox, Damien | 0002 | MTC-00013871
Fox, David | 0001 | MTC-00019521
Fox, Don | 0001 | MTC-00002531
Fox, Don | 0001 | MTC-00012723
Fox, Donald | 0001 | MTC-00025679
Fox, Donna | 0001 | MTC-00023325
FOx, Donna | 0001 | MTC-00028965
Fox, Erol | 0001 | MTC-00007674
Fox, Frank | 0001 | MTC-00006969
Fox, Frank | 0002 | MTC-00023815
Fox, Gail | 0001 | MTC-00011964
Fox, Gordon | 0001 | MTC-00028548
Fox, Gordon | 0001 | MTC-00028720
Fox, Jason | 0002 | MTC-00015666
Fox, John | 0001 | MTC-00002289
Fox, John K. | 0001 | MTC-00022686
Fox, Joseph | 0001 | MTC-00008482
Fox, Malcolm | 0001 | MTC-00017217
Fox, Mike | 0001 | MTC-00015280
Fox, Pat | 0001 | MTC-00008819
Fox, Patricia | 0001 | MTC-00021207
Fox, Paul | 0001 | MTC-00000085
Fox, Robert | 0002 | MTC-00011392
Fox, Sharon | 0001 | MTC-00030878
Fox, Sophie | 0001 | MTC-00012407
Fox, Sophie | 0001 | MTC-00008575
Fox, Steve | 0001 | MTC-00025671
Fox, Steve | 0001 | MTC-00019657
Fox, Tammy | 0001 | MTC-00029882
Fox, Wayne | 0001 | MTC-00001780
Fox, William | 0002 | MTC-00004978
Foxx, Stephen | 0001 | MTC-00032783
Foy, Michael | 0001 | MTC-00013287
Foy, Rex | 0001 | MTC-00026605
Foy, Will | 0001 | MTC-00016258
Foye, Gerald | 0001 | MTC-00009025
Frable, Frank | 0001 | MTC-00010007
Frack, J.W. | 0002 | MTC-00029537
Frady, Terry | 0001 | MTC-00024012
Frahm, Anna | 0002 | MTC-00033235
Fraim, Jane | 0001 | MTC-00021035
Frake, Victor S. | 0001 | MTC-00008457
Fraley, Daron | 0001 | MTC-00015368
Frame, Arthur | 0002 | MTC-00003432
France, Kyle | 0001 | MTC-00030866
Frances, Horace | 0001 | MTC-00020564
Francie521@ aol.com | 0001 | MTC-00009831
Francis, Bradley C. | 0001 | MTC-00009404
Francis, Marvin H. | 0001 | MTC-00008892
Francis, Matt | 0001 | MTC-00004080
Francis, Scott | 0004 | MTC-00021847
Francis, Scott | 0001 | MTC-00018220
Francis, Vicky | 0001 | MTC-00028786
Francis, Will | 0001 | MTC-00025033
Franciscus, Naden | 0001 | MTC-00000133
Franck, Deniz | 0001 | MTC-00003855
Frangos, Anarg Z. | 0001 | MTC-00005169
Frank 249 | 0001 | MTC-00000717
Frank Maglio | 0001 | MTC-00019738
Frank, Andrew | 0002 | MTC-00024788
Frank, Corey | 0001 | MTC-00014961
Frank, Donald | 0002 | MTC-00012907
Frank, Frank | 0001 | MTC-00022845
Frank, John | 0001 | MTC-00009851
Frank, Richard | 0001 | MTC-00025270
Frank, Richard John | 0001 | MTC-00008204
Frank, Richard John | 0001 | MTC-00008888
Frank, Roger | 0001 | MTC-00018573
Frank, Steve | 0001 | MTC-00017800
Frank, William M. | 0001 | MTC-00001187
frankcaicedo@ hotmail.com | 0001 | MTC-00028592
Frankcards@ hotmail.com | 0001 | MTC-00014660
Franke, James | 0002 | MTC-00032474
Franke, Steve | 0001 | MTC-00006829
Frankel, Rebecca | 0010 | MTC-00030559
Frankel, Rebecca | 0009 | MTC-00026552
Frankenfield, Jason | 0001 | MTC-00010110
Frankenfield, Samuel | 0002 | MTC-00033326
Frankenstein, Paul | 0002 | MTC-00018846
Frankford, Matt | 0001 | MTC-00011062
Frankfurth, John | 0001 | MTC-00005488
Frankhauser, Doug | 0001 | MTC-00005402
Frankhauser, Nick | 0001 | MTC-00023135
Franki, John | 0001 | MTC-00025418
Frankiel, Sam | 0001 | MTC-00018496
Frankl, William S. | 0001 | MTC-00012805
Franklin, Dennis | 0001 | MTC-00023578
Franklin, Doc | 0001 | MTC-00022008
Franklin, Don | 0001 | MTC-00007242
Franklin, Doug | 0001 | MTC-00015425
Franklin, Mike | 0001 | MTC-00030206
Franklin, Wade | 0001 | MTC-00017711
Franklin, William | 0001 | MTC-00009060
Franklin, William | 0001 | MTC-00006468
Franklin, William M. | 0001 | MTC-00006978
Franklyn, Bernard | 0001 | MTC-00023977
frankr@ bigfoot.com | 0001 | MTC-00015949
Franks, Edward P. | 0001 | MTC-00030314
Franks, Jerry | 0001 | MTC-00012186
Franks, John | 0001 | MTC-00015744
Franlindberg@ msn.com | 0001 | MTC-00015993
Frans De Wet | 0001 | MTC-00019760
Franttini, Ryamond F. | 0001 | MTC-00026195
Frantz, Elaine | 0001 | MTC-00023464
Frantz, Ronald S. | 0001 | MTC-00005925
Frantz, Ronald S. | 0001 | MTC-00011915
Frantzen, Karen | 0001 | MTC-00021820
Franz, Delbert D. | 0001 | MTC-00026581
Franz, Joe | 0001 | MTC-00001265
Franz, Roy | 0001 | MTC-00019119
Franzetti, John | 0001 | MTC-00022340
Frapazoid1.9 | 0002 | MTC-00009833
Fraser, Douglas | 0001 | MTC-00003161
Fraser, J. David | 0001 | MTC-00014712
Fraser, John | 0001 | MTC-00014605
Fraser, Martin | 0001 | MTC-00003802
Fraser, Thomas | 0001 | MTC-00032907
Frawley, Michael | 0001 | MTC-00009533
Frazao, Celso | 0001 | MTC-00023188
Frazee, Joseph P. | 0001 | MTC-00003685
Frazer, Alexa | 0001 | MTC-00027538
Frazer, J. D. | 0001 | MTC-00017621
Frazho, Kim S. | 0001 | MTC-00007203
Frazier, Albion | 0001 | MTC-00010043
Frazier, Donna | 0001 | MTC-00030372
razier, Len | 0001 | MTC-00025662
Frazier, Robert D. | 0001 | MTC-00027893
Frazier, Shon | 0001 | MTC-00024358
Frebbairn, Shawn | 0001 | MTC-00001364
Frechette, Marcel | 0003 | MTC-00031974
Fred Hamilton | 0002 | MTC-00019726
Fred, Richard | 0001 | MTC-00008532
Fred. A. Underwood@ bankofamerica.com | 0001 | MTC-00006043
FRED21@ aol.com | 0001 | MTC-00027259
fred@ ncpharmacists.org | 0001 | MTC-00017236
Freddiwash@ aol.com | 0001 | MTC-00007103
Frederick, Jeff | 0001 | MTC-00003571
Frederick, Keith | 0002 | MTC-00009842
Frederick, Terry | 0002 | MTC-00026751
Fredericks, Florence | 0001 | MTC-00028532
Fredericks, Fred | 0002 | MTC-00015481
Fredette, Roland H. | 0001 | MTC-00030146
fredf | 0001 | MTC-00021368
Fredlawyer@ prodigy.net | 0001 | MTC-00010418
Fredricks, Bill | 0001 | MTC-00002788
fredrik1@ zoominternet.net | 0001 | MTC-00017312
Free, Richard | 0002 | MTC-00014764
Freeberg, Carlin H. | 0001 | MTC-00025383
Freebern, Geoff | 0001 | MTC-00023281
Freeborn, Robert | 0002 | MTC-00015248
Freed, Aaron | 0001 | MTC-00008730
Freed, Andy | 0001 | MTC-00000833
Freed, Andy | 0002 | MTC-00004492
Freed, Daniel | 0001 | MTC-00001568
Freed, David | 0001 | MTC-00006354
Freedman, David | 0001 | MTC-00005287
Freedman, Gordie | 0001 | MTC-00023592
Freelance | 0001 | MTC-00014220
Freeland, Jason | 0001 | MTC-00015406
Freeman, Adam | 0001 | MTC-00026109
Freeman, Brian | 0001 | MTC-00012898
Freeman, Brian | 0001 | MTC-00025276
Freeman, Carolyn | 0001 | MTC-00027024
Freeman, Daniel | 0001 | MTC-00001526
Freeman, David | 0001 | MTC-00004483
Freeman, David | 0005 | MTC-00012598
Freeman, David R. | 0001 | MTC-00009768
Freeman, Diane | 0001 | MTC-00011607
Freeman, Diane & Roland | 0001 | MTC-00008275
Freeman, Howard and Elaine | 0001 | MTC-00005441
Freeman, Jean | 0001 | MTC-00012258
Freeman, Jennifer | 0001 | MTC-00012278
Freeman, Jennifer M. | 0001 | MTC-00027849
Freeman, Michael | 0001 | MTC-00012296
Freeman, Robyn | 0001 | MTC-00027230
Freeman, Ted | 0001 | MTC-00007073
Freeman, Terrance A | 0001 | MTC-00022099
Freeman, Tom | 0001 | MTC-00011949
Freemesser, Chris | 0001 | MTC-00015905
Freguson, Steven | 0001 | MTC-00020243
Freidenthal, Lora | 0001 | MTC-00015887
Freidman, Warren | 0001 | MTC-00008382
Freigang, Michial | 0001 | MTC-00013919
Freiheit | 0001 | MTC-00019654
Freise, Pauline | 0001 | MTC-00004130
Freitag, David | 0001 | MTC-00008229
Frekih, Stephen | 0001 | MTC-00030749
French, Arlene | 0001 | MTC-00009078
French, George | 0001 | MTC-00026054
French, Larry | 0001 | MTC-00027075
French, Marty | 0002 | MTC-00032536
French, Marty | 0002 | MTC-00032151
French, Mary | 0001 | MTC-00027102
Frenette, Mathieu | 0001 | MTC-00010605
Frense, Larry | 0001 | MTC-00025455
Freund, Dolores | 0001 | MTC-00005245
Freund, Dolores | 0001 | MTC-00010342
Freund, Gabriel | 0001 | MTC-00019815
Freund, John | 0001 | MTC-00003355
Freund, Kurt | 0002 | MTC-00026338
Freund, Robert W. | 0001 | MTC-00005241
Frew, Jack | 0001 | MTC-00009191
Frey, Eric | 0001 | MTC-00015370
Frey, Loretta | 0002 | MTC-00033607
Frey, Mary | 0001 | MTC-00029675
Frey, Matthew James | 0001 | MTC-00018254
Frey, Scott | 0001 | MTC-00022074
Freydenson, Elan | 0001 | MTC-00019129
Friar, James and Ethel | 0001 | MTC-00007499
Friby, Robert and Cathy | 0001 | MTC-00028256
Frick, George | 0002 | MTC-00003485
Frick, Nola | 0001 | MTC-00013659
Frick, Richard | 0002 | MTC-00027434
Fricke, Lucille | 0001 | MTC-00023190
Fricke, Robert | 0001 | MTC-00032732
Fricke, Tobin | 0003 | MTC-00026718
Fridy, Joseph M. | 0001 | MTC-00003825
Friedberg, Carl | 0001 | MTC-00003300
Friedberg, Carl | 0002 | MTC-00010318
Friedel, Vernon | 0001 | MTC-00031524
Friedenson, Bernard | 0001 | MTC-00006157
Friederich, Claudio | 0003 | MTC-00026632
Friedland, Frank | 0001 | MTC-00025503
Friedland, Tom | 0001 | MTC-00000265
Friedlander, Erik | 0001 | MTC-00025669
Friedman, Benjamin | 0001 | MTC-00030522
Friedman, Brent | 0002 | MTC-00029136
Friedman, Brian | 0001 | MTC-00000862
Friedman, Bruce L. | 0001 | MTC-00032261
Friedman, David | 0001 | MTC-00017143
Friedman, David | 0001 | MTC-00010952
Friedman, Frank | 0001 | MTC-00023575
Friedman, Lauren | 0001 | MTC-00008006
Friedman, Lauren | 0001 | MTC-00008005
Friedman, Mendel | 0001 | MTC-00031662
Friedman, Mike | 0001 | MTC-00005056
Friedman, R. J. | 0001 | MTC-00004451
Friedman, R.J. | 0001 | MTC-00001804
Friedman, Rick | 0001 | MTC-00009479
Friedman, Ron | 0001 | MTC-00026498
Friedman, Ross | 0001 | MTC-00019899
Friedman, Sage | 0001 | MTC-00027755
Friedman, Stephen | 0001 | MTC-00020150
Friedman, tom | 0002 | MTC-00032281
Friedman, Tom | 0002 | MTC-00032515
Friedman, Warren | 0001 | MTC-00001930
Friedman-Hill, Ernest | 0001 | MTC-00015022
Friedmann, Bob | 0001 | MTC-00029224
Friedrich, James | 0002 | MTC-00033302
Friedrich, Robert | 0001 | MTC-00031931
Friedrich, Robin | 0001 | MTC-00016641
Friel, Justin M. | 0001 | MTC-00013345
Friend, Gil | 0002 | MTC-00027753
Friend, Gil | 0002 | MTC-00028772
Friend, Gil | 0002 | MTC-00029182
friend-rick@ ucwv.edu | 0001 | MTC-00018011
Friesen, Erich | 0001 | MTC-00019497
Friesen, Jerry | 0002 | MTC-00033284
Friesen,Erich | 0001 | MTC-00013644
Friesner, Jeremy | 0001 | MTC-00016853
Frink, Brian | 0001 | MTC-00005599
Frink, Charles | 0001 | MTC-00023510
Frink, Jacquelyn A. | 0001 | MTC-00006986
Fris, John | 0001 | MTC-00006629
Frisbie, James | 0002 | MTC-00033115
Frisby, James | 0002 | MTC-00020160
Frisch, Karen | 0001 | MTC-00031637
Friske, Cheryl | 0001 | MTC-00031965
Fristensky, Brian | 0007 | MTC-00029424
Fritsch, Joshua | 0001 | MTC-00019696
Fritschi, George | 0001 | MTC-00021187
Fritschmann, June | 0001 | MTC-00023079
Fritts, William | 0002 | MTC-00031314
Fritz, Jim | 0001 | MTC-00026031
Fritz, Ronald E. | 0001 | MTC-00029532
Fritz, Stanislav | 0001 | MTC-00005322
Fritz, Todd | 0001 | MTC-00016473
Fritzinger, Scott | 0002 | MTC-00017094
Froc, Randy | 0001 | MTC-00024443
Froderberg, Al | 0001 | MTC-00012083
Froehle, Andrew | 0001 | MTC-00025467
Frohne, Rob | 0001 | MTC-00013369
Fromhold-Treu, Rene | 0001 | MTC-00018414
Fronczak, Frances | 0002 | MTC-00033562
Frondorf, Juddson | 0002 | MTC-00032117
Frondorf, Judson | 0001 | MTC-00032121
Frondort, Judson | 0002 | MTC-00032102
Fronefield, Ted | 0001 | MTC-00029078
Frossard, David | 0003 | MTC-00004131
Frost, Ann | 0001 | MTC-00014767
Frost, Bob | 0001 | MTC-00003707
Frost, Bob | 0002 | MTC-00001459
Frost, David | 0001 | MTC-00020047
Frost, Joan | 0002 | MTC-00033127
Frost, Keith | 0001 | MTC-00018389
Frost, Keith | 0001 | MTC-00004217
Frost, Kenneth | 0001 | MTC-00020144
Frost, Michael | 0001 | MTC-00015862
Frost, Stephen | 0001 | MTC-00014090
Frost, Terrance | 0001 | MTC-00028991
Froyd, Helen | 0001 | MTC-00025080
Frsucurtis@ aol.com | 0001 | MTC-00014675
Frudenberg, Robert | 0001 | MTC-00033822
Fruits, Ann | 0001 | MTC-00021107
Fruth, Larry | 0002 | MTC-00033024
Fruttero, John | 0002 | MTC-00025380
Fry, Craig | 0001 | MTC-00001064
Fry, Eddie | 0001 | MTC-00013223
Fry, Marilyn Diane | 0001 | MTC-00023192
Fry, Michael | 0001 | MTC-00023219
Fry, Michael | 0001 | MTC-00012205
Fry, Steve | 0001 | MTC-00018373
Fryar, Donny | 0001 | MTC-00032068
Frye, Mike | 0001 | MTC-00008010
Frye, Ramsey | 0001 | MTC-00018740
Frye, Robin | 0001 | MTC-00025498
Frye, Timothy | 0001 | MTC-00022641
Fryer, Ricahrd | 0001 | MTC-00020849
Fryk, Dan | 0001 | MTC-00021725
fsalzone@ suffolk.lib.ny.us | 0001 | MTC-00028183
FSSALIM@ aol.com | 0001 | MTC-00013121
ftrax@ juno.com | 0001 | MTC-00028186
Fu, Michael | 0001 | MTC-00007278
fubecao@ juno.com | 0001 | MTC-00010919
Fucci, Ann | 0001 | MTC-00006103
Fucci, Ann | 0001 | MTC-00022745
Fuchs, Dan | 0001 | MTC-00015201
Fuchs, Les | 0001 | MTC-00002083
Fuchs, Les | 0001 | MTC-00002410
Fuchs, Richard | 0002 | MTC-00025088
fud@ usdoj.gov | 0001 | MTC-00016737
Fuertes, Andrew | 0001 | MTC-00025306
Fuessel, Kelly | 0001 | MTC-00012628
Fuessel, Sue | 0001 | MTC-00010079
Fuher, Craig W. | 0001 | MTC-00031031
Fuhr, Daniel | 0001 | MTC-00015436
Fuhrmann, John | 0001 | MTC-00001720
Fujii, Susan | 0001 | MTC-00033699
Fujioka, Frank | 0001 | MTC-00005988
Fulcer, Dean | 0001 | MTC-00028544
Fulfer, Jon | 0001 | MTC-00009703
Fulford, Domonic | 0001 | MTC-00020903
Fulgham, Brent | 0002 | MTC-00018447
Fuller, Billy | 0001 | MTC-00017629
Fuller, Chris | 0001 | MTC-00020602
Fuller, Clark | 0001 | MTC-00005306
Fuller, Forrest | 0001 | MTC-00026378
Fuller, Jake | 0001 | MTC-00030896
Fuller, Jeffrey | 0001 | MTC-00020890
Fuller, Nancy | 0001 | MTC-00020609
Fuller, Simon | 0001 | MTC-00002973
Fuller, Steven | 0001 | MTC-00018043
Fuller, Susan | 0001 | MTC-00008562
Fuller, Terry | 0002 | MTC-00012559
Fuller, Thomas P. | 0001 | MTC-00009868
Fuller, Wm G | 0001 | MTC-00010753
Fullerton, David | 0001 | MTC-00030285
Fullerton, R. C. | 0001 | MTC-00008684
Fullilove, Doug | 0001 | MTC-00005510
Fullmer, Boyce | 0001 | MTC-00016422
Fullmer, Boyce | 0001 | MTC-00032057
Fullon, Jeffrey S. | 0001 | MTC-00025892
Fulmer, Bill | 0001 | MTC-00008858
Fulton, Charles | 0001 | MTC-00018689
Fulton, John | 0001 | MTC-00027338
Fulton, Keith | 0001 | MTC-00000593
Fulton, Scott M. | 0026 | MTC-00004753
Fulton, Sean R. | 0001 | MTC-00016262
Fulton, Tim | 0001 | MTC-00003807
fultonswe@ rcia.com | 0001 | MTC-00010467
Fultz, Randall | 0001 | MTC-00010960
Funa, Ernesto | 0001 | MTC-00011213
Funa, Ping | 0001 | MTC-00011223
Funair, Joseph | 0001 | MTC-00005789
Funds, Karl | 0001 | MTC-00006171
Funk, Erik N. | 0001 | MTC-00007329
Funk, Erik N. | 0001 | MTC-00012056
Funk, Kendall | 0001 | MTC-00012196
Fuqua, Jim | 0001 | MTC-00011337
Fuqua, Stanley | 0001 | MTC-00025686
Furby, Andrea | 0001 | MTC-00001863
Furlan, Igor | 0001 | MTC-00000416
Furlong, Jim | 0001 | MTC-00008351
Furlong, Jim | 0001 | MTC-00002743
Furnish, Trevor G. | 0001 | MTC-00017862
Furnival, Bruce A. | 0001 | MTC-00000400
Furnival, Bruce A. | 0001 | MTC-00032253
Furry, Brian | 0002 | MTC-00024141
Furry, Robert | 0001 | MTC-00007174
Furth, Salim | 0001 | MTC-00009817
Fusaris, Karl | 0001 | MTC-00004734
Fusco, Americo A. | 0001 | MTC-00029131
Fusek, John | 0001 | MTC-00018045
Fusek, John | 0001 | MTC-00027003
Fusek, John | 0001 | MTC-00026993
Fusek, John | 0001 | MTC-00026998
Fuselier, Michael | 0001 | MTC-00013199
Fusiler, Brent Austin | 0001 | MTC-00013723
Fuson, David | 0001 | MTC-00032679
Fussell, Michael | 0001 | MTC-00001959
Futral, Scott | 0001 | MTC-00011977
Futrell, William | 0001 | MTC-00013038
Fuy, Michael | 0001 | MTC-00001149
Fuzi, Jesse | 0001 | MTC-00018668
fvck-microsoftcmsn.com | 0001 | MTC-00024285
fwcourington@ foxinternet.net | 0001 | MTC-00010348
fwcourington@ foxinternet.net | 0001 | MTC-00028162
Fwer, Linda G. | 0001 | MTC-00031558
fwsherman@ earthlink.net | 0001 | MTC-00017227
Fyffe, James T. | 0001 | MTC-00017514
Fyler, Cody | 0001 | MTC-00025898
Fylypowycz, Joseph | 0002 | MTC-00026701
Fyman, John | 0003 | MTC-00027628
g-mon | 0001 | MTC-00007346
G., Alden | 0001 | MTC-00026346
G., Mike | 0001 | MTC-00018324
g.weess@ worldnet.att.net | 0001 | MTC-00028148
G4 | 0001 | MTC-00023396
Gaad, Rober tJ. | 0001 | MTC-00025908
Gaardegamp@ aol.com | 0001 | MTC-00008935
Gabbert, Janice | 0002 | MTC-00033314
Gabbert, Kevin | 0002 | MTC-00003614
Gabel, Preston S. | 0001 | MTC-00018352
Gabel, William E | 0001 | MTC-00011746
Gaber, Scott | 0001 | MTC-00003269
Gable, Eliot | 0001 | MTC-00002968
Gable, Gary | 0001 | MTC-00013609
Gabler, David | 0001 | MTC-00016405
Gablin, Yves | 0002 | MTC-00020789
Gabriel | 0001 | MTC-00002417
Gabriel | 0001 | MTC-00002412
Gabriel, Flora | 0001 | MTC-00006184
Gabriel, Paul | 0001 | MTC-00026241
Gabriele, Anthony | 0001 | MTC-00012506
Gabriele, John | 0001 | MTC-00001200
Gabriele, Paul | 0002 | MTC-00019487
Gabrielle, Mark | 0001 | MTC-00005608
Gach, Richard | 0001 | MTC-00031538
Gadd, Robert | 0001 | MTC-00006179
Gades, Burhman | 0001 | MTC-00017020
Gadient, Patrick | 0001 | MTC-00008902
Gadoury, Joseph | 0002 | MTC-00011034
Gafour, Peang | 0001 | MTC-00024061
Gage, Cathy | 0001 | MTC-00000565
Gage, Ronald R. | 0001 | MTC-00014934
Gagne, Jeff | 0001 | MTC-00001645
Gagne, Mathieu | 0002 | MTC-00024075
Gagne, Stefan | 0001 | MTC-00016161
Gagnebin, Jean-Claude | 0001 | MTC-00023168
Gagon, John | 0001 | MTC-00013855
Gaii, Delos S | 0001 | MTC-00023878
Gainer, Matt | 0001 | MTC-00029281
Gaines | 0001 | MTC-00001088
Gaines, James F. | 0001 | MTC-00011968
Gaines, James F. | 0001 | MTC-00005743
Gaines, Jim | 0001 | MTC-00032847
Gaines, Marcus | 0001 | MTC-00018329
Gaines, Shirley | 0001 | MTC-00022674
Galanis, Anthony | 0002 | MTC-00004700
Galante, Sam A. | 0001 | MTC-00011167
Galanti, Paul J. | 0001 | MTC-00002145
Galaska, Richard | 0001 | MTC-00031851
Galaz, Michelle | 0002 | MTC-00006471
Galbraith, B. F. | 0001 | MTC-00004266
Galbraith, Ben | 0001 | MTC-00018298
Galbraith, Brandon | 0001 | MTC-00030742
Galbraith, Wendell | 0001 | MTC-00004769
Galburt, Paula Jean | 0001 | MTC-00009288
Galckin, Larry | 0001 | MTC-00018811
Galeano, Gus | 0003 | MTC-00025408
Galimi, James | 0001 | MTC-00023084
Galka, Larry | 0001 | MTC-00016389
Gall, Ben | 0001 | MTC-00006562
Gall, Randy | 0001 | MTC-00003318
Gallaghe Jr., Francis | 0002 | MTC-00033442
Gallagher, Carl E. | 0001 | MTC-00006271
Gallagher, Harry | 0001 | MTC-00025699
Gallagher, Jim | 0001 | MTC-00020107
Gallagher, Mark R. | 0002 | MTC-00027851
Gallagher, S. | 0002 | MTC-00026900
Gallagher, Sean | 0001 | MTC-00012695
Gallant, Donald W. | 0002 | MTC-00030334
Gallant, John | 0001 | MTC-00028244
Gallardo, David | 0001 | MTC-00029422
Gallardo, Edgar | 0001 | MTC-00012128
Gallarzo, Luis G. | 0001 | MTC-00000185
Gallarzo, Luis G. | 0001 | MTC-00000187
Galle, Ken | 0001 | MTC-00019887
Galler, Charles | 0001 | MTC-00015885
Gallery, Richard | 0001 | MTC-00022679
Galli | 0001 | MTC-00009368
Galli, John | 0002 | MTC-00014107
Gallimore, Ronald | 0001 | MTC-00001743
Gallion, Darrell | 0001 | MTC-00015774
Gallison, Leanne | 0001 | MTC-00006545
gallivan@ usdoj.gov | 0001 | MTC-00000806
Gallo, Francesso P. | 0001 | MTC-00008101
Gallop, Mike | 0001 | MTC-00005459
Galloway, Daniel | 0001 | MTC-00029935
Galloway, Ted | 0001 | MTC-00023423
Gallup, John | 0001 | MTC-00023483
Gallup, Keith | 0002 | MTC-00032337
Gallup, Keith | 0002 | MTC-00032459
Gallup, Maieve | 0001 | MTC-00030970
Gallus, John | 0001 | MTC-00030215
Galoway, Steven | 0001 | MTC-00022317
Galtuso, Steve | 0001 | MTC-00024632
Galvin, Mark | 0001 | MTC-00021609
Galvin, Rob | 0043 | MTC-00029175
Galvin, Sean | 0001 | MTC-00029965
Galvin, Tom | 0001 | MTC-00026465
Gam, David | 0001 | MTC-00005944
GAMatthews03@ aol.com | 0001 | MTC-00009849
GAMatthews03@ aol.com | 0001 | MTC-00004257
Gamba-Lewis, Shannon | 0001 | MTC-00021358
Gambetta, Jack | 0001 | MTC-00029580
Gambine, Gerard | 0001 | MTC-00005469
Gambino, Richard | 0002 | MTC-00029918
Gamble, Chris | 0001 | MTC-00016529
Gamble, Jerry | 0002 | MTC-00018686
Gamble, Jim | 0001 | MTC-00019652
Gamble, Nigel | 0001 | MTC-00026236
Gamble@ minn.teradyne@ inetgw | 0001 | MTC-00016504
Gamboa, Ricky | 0001 | MTC-00011215
Gambrino, Ann | 0002 | MTC-00027151
Gambrino, Ann | 0001 | MTC-00029591
Gameiro, Gilles | 0002 | MTC-00013084
Games, Paul | 0001 | MTC-00013708
Gamester, Charles | 0001 | MTC-00009016
Gamiel, Kevin | 0001 | MTC-00002036
Gammel, Walter | 0001 | MTC-00032753
Gamsey, Helen | 0004 | MTC-00028698
Gamsey, Helen | 0009 | MTC-00029465
Gamsey, Helen B. | 0005 | MTC-00030622
Gandini, Mauro | 0001 | MTC-00005248
Ganesh, Chatapuram P. | 0001 | MTC-00005834
Ganeva, Jennifer | 0001 | MTC-00032571
Ganiel, Kevin | 0001 | MTC-00000532
Gann, Troy | 0001 | MTC-00000083
Gannon, Mark | 0001 | MTC-00004075
Gannon, Timothy | 0002 | MTC-00013404
Gans, Jon | 0001 | MTC-00003178
Ganson, Mark | 0001 | MTC-00029967
Gant, Dave | 0001 | MTC-00004592
Ganter, Jerome | 0001 | MTC-00024645
Gantos, Theo | 0001 | MTC-00024939
Ganz, Will | 0001 | MTC-00019597
Ganz, Will | 0003 | MTC-00000739
Gaool, Francesco P. | 0001 | MTC-00025036
Garavanian, Avedis | 0001 | MTC-00008820
Garay, Tandy | 0001 | MTC-00030963
Garber, Daniel | 0001 | MTC-00028940
Garber, Frank | 0001 | MTC-00022724
Garborg, Joanie | 0001 | MTC-00008385
Garborg, Keith | 0001 | MTC-00008388
Garcia, Brad | 0001 | MTC-00015134
Garcia, Christopher | 0001 | MTC-00017195
Garcia, Fernando | 0001 | MTC-00030924
Garcia, Jeff | 0001 | MTC-00016890
Garcia, Johannes | 0001 | MTC-00029337
Garcia, Johannes | 0001 | MTC-00029351
Garcia, Jose | 0001 | MTC-00024503
Garcia, Joseph | 0001 | MTC-00013222
Garcia, Leo | 0001 | MTC-00006525
Garcia, Oscar | 0001 | MTC-00022935
Garcia, Oscar | 0002 | MTC-00033658
Garcia, Raul X. | 0001 | MTC-00004529
Garde | 0001 | MTC-00015446
Gardetto, Helga | 0001 | MTC-00030481
Gardiner, Glenn | 0001 | MTC-00002243
Gardiner, Monterey | 0001 | MTC-00019679
Gardini, Mauro | 0001 | MTC-00011198
Gardner, Alan | 0001 | MTC-00024167
Gardner, Andrew | 0002 | MTC-00026308
Gardner, Dave | 0002 | MTC-00023298
gardner, David | 0001 | MTC-00019632
Gardner, Del | 0001 | MTC-00009791
Gardner, Donald | 0001 | MTC-00020327
Gardner, Ethel | 0001 | MTC-00007636
Gardner, Ethel | 0001 | MTC-00013151
Gardner, Faye | 0002 | MTC-00033216
Gardner, Ginger | 0001 | MTC-00012771
Gardner, Hugh | 0002 | MTC-00006235
Gardner, Huland B. | 0001 | MTC-00029300
Gardner, jack | 0001 | MTC-00009065
Gardner, Jack | 0001 | MTC-00032023
Gardner, Jay | 0001 | MTC-00000974
Gardner, Jay | 0001 | MTC-00000975
Gardner, Jerry | 0001 | MTC-00024587
Gardner, John H. | 0001 | MTC-00008887
Gardner, Kay | 0001 | MTC-00030968
Gardner, Lawrence | 0001 | MTC-00020545
Gardner, Leroy | 0001 | MTC-00008050
Gardner, Marvin | 0002 | MTC-00011098
Gardner, Mike | 0001 | MTC-00012982
Gardner, Paul | 0001 | MTC-00017472
Gardner, Priscilla | 0001 | MTC-00013104
Gardner, Richard | 0001 | MTC-00014718
Gardner, Richard | 0001 | MTC-00030104
Gardner, Robert | 0001 | MTC-00026794
Gardner, Robert | 0002 | MTC-00005225
Gardner, Russell | 0002 | MTC-00033203
Gardner, Sallie | 0001 | MTC-00023226
Gardner, Tom | 0001 | MTC-00027997
Gardner, William H. | 0001 | MTC-00002069
Garella, Elena Luisa | 0001 | MTC-00005603
Garff, Jeremy | 0001 | MTC-00015923
Garfield, Rachel | 0001 | MTC-00021146
Garfinkle, Irwin | 0001 | MTC-00024852
Garfoot, Roger D. | 0002 | MTC-00008748
Gargano, Dana | 0001 | MTC-00030794
Gariepy, Alonzo | 0002 | MTC-00027904
Garland, Clyde | 0001 | MTC-00032648
Garland, James T. | 0001 | MTC-00003029
Garland, Jeff | 0001 | MTC-00024583
Garland, Ray | 0001 | MTC-00006369
Garlick, Tom | 0001 | MTC-00002877
Garlick, Tom | 0001 | MTC-00004004
Garlow, Wynne | 0002 | MTC-00008778
Garman, Dave | 0001 | MTC-00029174
Garner, David | 0001 | MTC-00007531
Garner, Edward | 0001 | MTC-00005938
Garner, Robert | 0001 | MTC-00008785
Garnett, Pryor | 0001 | MTC-00026564
Garniedottie@ aol.com | 0001 | MTC-00013836
Garofalo, Raymond | 0002 | MTC-00030528
Garon, Marc | 0001 | MTC-00027741
Garren, Jerry | 0001 | MTC-00022626
Garren, Jerry | 0001 | MTC-00022630
Garrett, Becky | 0001 | MTC-00028754
Garrett, Bill | 0001 | MTC-00022466
Garrett, Bill | 0001 | MTC-00022486
Garrett, Howard | 0002 | MTC-00033105
Garrett, Jeff | 0001 | MTC-00012968
Garrett, Robert | 0001 | MTC-00020574
Garrick, Bruce | 0001 | MTC-00004296
Garrick, Bruce | 0001 | MTC-00011483
Garrie, Dave | 0001 | MTC-00025848
Garrie, Dave | 0001 | MTC-00020896
Garringer, Joe; | 0002 | MTC-00019360
Garris, Jacy O. | 0003 | MTC-00010838
Garrison, Cherry S. | 0001 | MTC-00027998
Garrison, Curtis | 0002 | MTC-00004968
Garrison, John | 0001 | MTC-00006364
Garrison, John E. | 0001 | MTC-00011824
Garrison, John Sr. | 0001 | MTC-00022943
Garrison, Kevin | 0001 | MTC-00022200
Garson, Jesse | 0001 | MTC-00013540
Garson, Sebastian | 0001 | MTC-00032005
Garson, Thomas | 0001 | MTC-00006350
Garth, John | 0001 | MTC-00003335
Garthwaite, Don | 0001 | MTC-00016387
Garthwaite, Judy | 0001 | MTC-00020450
Gartland, Paul | 0001 | MTC-00001839
Garton, Ron | 0003 | MTC-00008589
Garton-Zweber, Marian | 0001 | MTC-00029482
Garvey, Bob | 0001 | MTC-00000774
Garvey, Bob | 0001 | MTC-00032256
Garvey, Scott | 0001 | MTC-00031330
Garvie, Dave | 0001 | MTC-00006188
Garvie, Dave | 0001 | MTC-00011589
Garvie, Lynne | 0001 | MTC-00008197
Garvin, Elton | 0001 | MTC-00029490
Gary | 0001 | MTC-00001000
Gary | 0001 | MTC-00017128
Gary, Dan | 0001 | MTC-00017761
Gary, Jean | 0002 | MTC-00032314
garypr7265@ worldnet.att.net | 0007 | MTC-00000652
Garza Marin, A. David | 0001 | MTC-00023180
Gasch, Robert | 0002 | MTC-00005000
Gascoyne, Bill | 0001 | MTC-00000167
Gashi, Phil | 0001 | MTC-00033710
Gashitt, Phil | 0001 | MTC-00031183
Gashitt, Phil | 0001 | MTC-00031180
Gasiarowski, Robert | 0001 | MTC-00032326
Gaskens, Ray | 0001 | MTC-00008024
Gaskill, Wendy | 0001 | MTC-00032978
Gaspar, Kyle | 0001 | MTC-00024353
Gasparich, Jim | 0001 | MTC-00007688
Gast, Donna | 0001 | MTC-00025358
Gastelum, Antonio | 0001 | MTC-00030028
Gastelyn, Antonio | 0002 | MTC-00029993
Gastineau, Arlen | 0001 | MTC-00012307
Gatar | 0001 | MTC-00025524
Gatchel, Stan | 0001 | MTC-00017578
Gatchell, Shawn | 0001 | MTC-00017891
Gates, Adam | 0001 | MTC-00007839
Gates, Billy and Elizabeth | 0001 | MTC-00008437
Gates, Caton | 0001 | MTC-00014952
Gates, Fred | 0001 | MTC-00012667
Gates, Fred and Ginny | 0001 | MTC-00020504
Gates, Harold | 0001 | MTC-00023428
Gates, Harold | 0001 | MTC-00023429
Gates, Margaret | 0001 | MTC-00023923
Gates, Michael | 0001 | MTC-00015789
Gates, Tom | 0001 | MTC-00005963
Gatewood, Edward | 0001 | MTC-00023364
Gathman, Stuart David | 0002 | MTC-00026193
Gatley, Dermot | 0001 | MTC-00003984
Gatliff, Robert | 0001 | MTC-00002616
Gatlin, Brooks | 0002 | MTC-00022249
Gatten, Jerry | 0001 | MTC-00030900
Gatti, Tony | 0001 | MTC-00012943
Gatti, Tony | 0001 | MTC-00020674
Gattuso, Anthony | 0001 | MTC-00031670
Gatzke, Ed | 0001 | MTC-00004977
Gaughan, Lowell | 0001 | MTC-00013857
Gault, Brian | 0001 | MTC-00028789
Gault, Grace | 0002 | MTC-00033281
Gaumer, Gerald | 0001 | MTC-00005850
Gaumer, Gerald | 0001 | MTC-00011672
Gauslin, Anthony | 0001 | MTC-00016289
Gauthier, Roland | 0002 | MTC-00021906
Gauthier, Russel | 0002 | MTC-00014703
Gavens, Daniel | 0001 | MTC-00023778
Gavin, Dan | 0001 | MTC-00016180
Gavvey, Edward | 0001 | MTC-00029845
Gaw/Ocp | 0001 | MTC-00001667
Gawlikowski, W. C. | 0001 | MTC-00025998
Gay, Peter J. | 0001 | MTC-00011415
Gaydar, Michael | 0001 | MTC-00024295
Gaynor, John | 0001 | MTC-00026326
Gaytan, Francisco | 0001 | MTC-00020411
Gayvert, David | 0001 | MTC-00007177
Gaziani, M.R. | 0001 | MTC-00030930
Gazin, James | 0002 | MTC-00001287
Gazley, Jef | 0001 | MTC-00005508
gbaron@ e2net.net | 0001 | MTC-00024291
GBauer4966@ aol.com | 0001 | MTC-00026053
gbdesign@ pop-server.new.rr.com | 0001 | MTC-00011769
GC Research | 0001 | MTC-00003954
gcarm1@ juno.com | 0001 | MTC-00026223
gccoor@ aol.com | 0001 | MTC-00017293
Gdog, Mike | 0002 | MTC-00013204
GDPESQ@ aol.com | 0001 | MTC-00008636
GDPUCK@ aol.com | 0001 | MTC-00007372
Gearman, Patrick | 0002 | MTC-00016318
Gebben, Jeremy | 0001 | MTC-00016155
gebelldabfo2aol.com | 0001 | MTC-00024773
Gebhard, Manfred | 0001 | MTC-00001090
Gebhardet, Kip | 0001 | MTC-00022921
Gebhardt, Christopher | 0002 | MTC-00002240
Gecius, Jens | 0002 | MTC-00030708
Geddis, P. M. | 0001 | MTC-00023075
Gede, Jim & Mary | 0001 | MTC-00009345
Gedney, Fred | 0001 | MTC-00026702
Gee, Aaron | 0002 | MTC-00022627
Gee, Bruce | 0002 | MTC-00026608
Gee, Chris | 0001 | MTC-00018730
GeeBeeRacers@ aol.com | 0001 | MTC-00001777
geek@ geekculture.com | 0001 | MTC-00032124
Geels, Dennis | 0001 | MTC-00017785
Geers, Frederick | 0001 | MTC-00017710
Geffen, David | 0001 | MTC-00015982
gehevler@ verizon.net | 0001 | MTC-00028057
Gehl, John N. | 0001 | MTC-00026037
Gehlot, Rzui | 0001 | MTC-00001001
Gehman, Philip | 0002 | MTC-00031242
Gehman, Roger W. | 0002 | MTC-00010610
Gehman, W. Roger | 0001 | MTC-00012027
Gehman, Warren R. | 0001 | MTC-00007409
Gehrig, Mich | 0001 | MTC-00012919
Geier, Fritz | 0001 | MTC-00017340
Geiger, Matthew | 0002 | MTC-00004046
Geil, Dan | 0001 | MTC-00025248
Geisinger, Nile | 0001 | MTC-00022911
Geisler, Heather | 0001 | MTC-00031682
Geissler, E. | 0001 | MTC-00032667
Gelat, Elias | 0001 | MTC-00011040
Gelfand, Elaine | 0001 | MTC-00023648
Gelfand, Martin | 0001 | MTC-00017198
Gelfond, gregory | 0001 | MTC-00024376
Gelfond, Jensen | 0001 | MTC-00013569
Gelgard, Grant | 0001 | MTC-00025020
Gelin, Jack | 0002 | MTC-00028303
Geller, Eli | 0001 | MTC-00021801
Geller, Josh | 0001 | MTC-00002338
Geller, Myer | 0001 | MTC-00029623
gelliott@ bigskytel.com | 0001 | MTC-00028616
Gelormine, Lou | 0001 | MTC-00030504
Gelston, John | 0001 | MTC-00004377
Gempf, Conrad | 0002 | MTC-00004399
Gendreau, Philip and Barbara | 0001 | MTC-00007184
Gennari, Monique | 0002 | MTC-00020077
Genoff, Steve | 0001 | MTC-00017972
Gensler, Thomas and Karen | 0001 | MTC-00009010
Gentile, Marco | 0001 | MTC-00032766
Gentile, Michael | 0001 | MTC-00006724
Genung, Mark | 0002 | MTC-00005293
Genzel, Richard | 0001 | MTC-00020598
Geoeva@ aol.com | 0001 | MTC-00001030
Geoffreyesoteric@ 3times25.net | 0002 | MTC-00018020
Geoffroy, Eric | 0001 | MTC-00001248
Geohegan, Paul | 0001 | MTC-00010179
geojenner@ aol.com | 0001 | MTC-00028061
Georgakis, James A. | 0001 | MTC-00007619
George | 0001 | MTC-00002124
George and Michele | 0001 | MTC-00016478
George, Bediako | 0002 | MTC-00018597
George, Clarence | 0002 | MTC-00033593
George, Eric | 0002 | MTC-00027793
George, Eric | 0001 | MTC-00018118
George, Harry | 0001 | MTC-00000525
George, Howard | 0002 | MTC-00032505
George, Jonathan | 0001 | MTC-00019047
George, Mark | 0001 | MTC-00015506
George, Nancy | 0001 | MTC-00007026
George, Ray | 0001 | MTC-00001423
George, Sam | 0001 | MTC-00005644
George, Tom and Naomi | 0001 | MTC-00019220
George, Vernon | 0001 | MTC-00030245
Georgeff, Gabriel | 0001 | MTC-00009415
Georgen, Jim and Louise | 0002 | MTC-00033256
Georges, Neville | 0001 | MTC-00031722
Geraci, Bill | 0001 | MTC-00001641
Geraghty, John | 0001 | MTC-00023400
Geraghty, Kevin | 0001 | MTC-00018667
Gerard | 0001 | MTC-00003811
Gerard, Gregory | 0001 | MTC-00028389
Geraux | 0001 | MTC-00000009
Gerbarg, Louis | 0001 | MTC-00018579
Gerber, Bernard | 0001 | MTC-00029969
Gerber, Jerrey | 0001 | MTC-00030145
Gerber, John | 0001 | MTC-00012165
Gerber, Matt | 0001 | MTC-00022405
Gerdy, Rich | 0001 | MTC-00001274
Gergen, James | 0001 | MTC-00013380
Gerhardson, Gabriel | 0001 | MTC-00015836
Gerhardstein, Joe | 0003 | MTC-00013449
Gerhardt, Robert A. | 0002 | MTC-00028094
Gerhart, Tom | 0001 | MTC-00025871
Gerhart, Tom | 0001 | MTC-00030553
Gerig, Gregory | 0003 | MTC-00012515
Gerimino Jr., T. P. | 0001 | MTC-00007577
Gerkman, Joe | 0001 | MTC-00000046
Gerlach, Edward | 0001 | MTC-00026567
Gerlach, Ulrich | 0002 | MTC-00022335
Gerlach, Ward | 0001 | MTC-00015376
German, Glenn | 0002 | MTC-00032139
German, Rz | 0001 | MTC-00004181
Germans, Jacques | 0001 | MTC-00033719
Gerontianos, Kerry | 0002 | MTC-00031861
gerry162002@ yahoo.com | 0001 | MTC-00029099
gerry@ bgni.com | 0001 | MTC-00012736
Gersema, Duke | 0001 | MTC-00009918
Gerst, Jeff | 0001 | MTC-00013315
Gersting, Judith | 0001 | MTC-00009374
Gertry, Dean | 0001 | MTC-00031523
Gertsch, Steve | 0001 | MTC-00011782
Gervais, Bob | 0001 | MTC-00021751
Gervais, Jean-Claude | 0001 | MTC-00000571
Gerwitz, Hans | 0001 | MTC-00001772
Gerz, Chris | 0001 | MTC-00002157
geschmierer | 0001 | MTC-00025175
Geshard, Kerry | 0001 | MTC-00024596
Geske, Brent | 0001 | MTC-00018520
Gessel, David | 0002 | MTC-00003878
Gessel, David | 0001 | MTC-00020207
Gessing, Paul | 0001 | MTC-00022536
Gessner, Matthew | 0002 | MTC-00016082
Gestwicki, Paul | 0001 | MTC-00016972
Getter, Michael | 0002 | MTC-00005016
Getz, John E. | 0001 | MTC-00023335
Getz, Steve | 0001 | MTC-00024620
Geudner, Michael A. | 0001 | MTC-00010281
Gevaert, Thomas | 0001 | MTC-00000465
Geyer, Ben | 0001 | MTC-00001763
gfullert@ hotmail.com | 0001 | MTC-00014560
GG | 0001 | MTC-00005867
ggullas1@ nycap.rr.com | 0001 | MTC-00028105
Ghaffari, Elizabeth | 0001 | MTC-00003997
Ghalamkan, Kamen | 0001 | MTC-00031574
Ghaly, Mark | 0002 | MTC-00025140
Ghani, Bazil | 0001 | MTC-00009969
Ghasn, George G. | 0001 | MTC-00025228
Ghenic, Carol A. | 0002 | MTC-00025920
Ghilain, James | 0001 | MTC-00021471
Ghioni, Kristie | 0001 | MTC-00029144
ghors7@ hotmail.com | 0001 | MTC-00028195
Ghose, Amitar | 0001 | MTC-00030379
Ghosh, Sid | 0001 | MTC-00008419
Ghost | 0001 | MTC-00018359
Giacchi, James | 0001 | MTC-00019230
Giachino, Renee | 0003 | MTC-00030234
Gialamas, Leslie | 0002 | MTC-00027395
Gialloernzo, Patrick A. | 0001 | MTC-00025875
Giampaolo, Dominic | 0001 | MTC-00016557
Giancaterino, Chris | 0002 | MTC-00017048
Giannanderea, John | 0006 | MTC-00027579
Giannandrea, John | 0007 | MTC-00030193
Gianni, Lyn | 0001 | MTC-00006387
Giannoni, Marc | 0001 | MTC-00016750
Gibbons, Fred | 0002 | MTC-00002792
Gibbons, Judi | 0001 | MTC-00011897
Gibbons, William | 0001 | MTC-00012488
Gibbons, William | 0001 | MTC-00021652
Gibbs, Darren | 0001 | MTC-00012914
Gibbs, Doug | 0001 | MTC-00016879
Gibbs, Ivan J. | 0001 | MTC-00024917
Gibbs, J. L. | 0001 | MTC-00011002
Gibbs, Manton | 0001 | MTC-00008680
Gibbs, Michael | 0002 | MTC-00026395
Gibbs, Noah | 0002 | MTC-00019475
Gibbs, Wesley | 0001 | MTC-00004176
Gibby, Bruce | 0001 | MTC-00014806
Gibian, Terence | 0002 | MTC-00003718
GibIB@ aol.com | 0001 | MTC-00012014
Giblertson-White, Joel | 0001 | MTC-00016567
Gibson, D. L. | 0001 | MTC-00020100
Gibson, David | 0001 | MTC-00020819
Gibson, Dianna | 0001 | MTC-00011933
Gibson, Doc | 0002 | MTC-00005915
Gibson, Hazel | 0001 | MTC-00012636
Gibson, Jason | 0001 | MTC-00015616
Gibson, Jason | 0001 | MTC-00015746
Gibson, Jim | 0007 | MTC-00031624
Gibson, John | 0001 | MTC-00002936
GIbson, John | 0002 | MTC-00026933
Gibson, Joseph | 0001 | MTC-00016491
Gibson, Joseph W. | 0001 | MTC-00000727
Gibson, Kathleen | 0002 | MTC-00012930
Gibson, Linda | 0001 | MTC-00021143
Gibson, Loretta | 0001 | MTC-00020610
Gibson, Robert | 0001 | MTC-00006500
Gibson, Robert | 0001 | MTC-00006415
Gibson, robert | 0001 | MTC-00011541
Gibson, Sue | 0001 | MTC-00014426
Gibson, Susan | 0001 | MTC-00010828
Gibson, Virginia | 0001 | MTC-00029445
Gibson, W. David | 0001 | MTC-00013516
Gibson, Warren | 0001 | MTC-00003573
gibsourj@ nc.vv.com | 0001 | MTC-00028076
Gideon, Thomas | 0001 | MTC-00019379
Giebel, Tom | 0002 | MTC-00018241
Gierach, William | 0001 | MTC-00020066
Gies, Dennis | 0001 | MTC-00003315
Giese, Bob | 0001 | MTC-00008500
Giesey, John | 0001 | MTC-00012171
Giesler, Michael | 0001 | MTC-00011038
Gifford, Carey | 0001 | MTC-00027837
Gifford, Erika | 0001 | MTC-00011928
Gifford, Jonathan | 0010 | MTC-00028579
Gifford, Jonathan | 0010 | MTC-00028546
Giffords, Robert | 0001 | MTC-00022888
Gigas, Gunter | 0001 | MTC-00007803
Giger, Matt | 0001 | MTC-00016128
Giglio, Jason | 0002 | MTC-00015182
Giglio, MIchael | 0001 | MTC-00000397
Giglio, Virginia | 0001 | MTC-00031960
Gigliotti, Jim | 0001 | MTC-00013181
Gignac, Dennis | 0001 | MTC-00008727
Gignilliat, Elaine | 0001 | MTC-00025988
gihuey@ hotmail.com | 0001 | MTC-00025212
gijosh4507@ mac.com | 0001 | MTC-00025384
Gil | 0001 | MTC-00005506
Gil | 0001 | MTC-00032745
gil@ amrildev.org | 0001 | MTC-00014551
Gilber, Andrew | 0001 | MTC-00016914
Gilbert, Barbara Smith | 0001 | MTC-00022515
Gilbert, Christine | 0001 | MTC-00012989
Gilbert, Jason | 0001 | MTC-00021887
Gilbert, Jay | 0001 | MTC-00002293
Gilbert, Jeremiah | 0001 | MTC-00016646
Gilbert, Jeremy | 0001 | MTC-00015491
Gilbert, John | 0001 | MTC-00013866
Gilbert, John | 0001 | MTC-00031513
Gilbert, John D. | 0001 | MTC-00002407
Gilbert, John D. | 0001 | MTC-00032126
Gilbert, Maureen | 0001 | MTC-00026258
Gilbert, Norm | 0001 | MTC-00014292
Gilbert, Stephen | 0001 | MTC-00018495
Gilbert, Steve | 0001 | MTC-00012853
Gilberti, Agnes | 0001 | MTC-00007238
Gilbertson, Jim | 0001 | MTC-00020159
Gilboa, Nir | 0001 | MTC-00000614
Gilbreath, Troy | 0002 | MTC-00001690
Gilchrist, John | 0001 | MTC-00022557
Gildea, Helen | 0001 | MTC-00009200
Giles, Bear | 0002 | MTC-00017759
Giles, Gordon | 0001 | MTC-00013649
Giles, Peter | 0002 | MTC-00017363
Giles, Tommy | 0001 | MTC-00015034
Gill, Adrian | 0001 | MTC-00025414
Gill, Anthony | 0001 | MTC-00032977
Gill, David | 0001 | MTC-00022817
Gill, Joseph | 0002 | MTC-00003601
Gill, Michael | 0001 | MTC-00019650
Gill, Sam | 0002 | MTC-00014276
Gillaspie, Don | 0001 | MTC-00018903
Gille, Anne | 0002 | MTC-00033274
Gillean, Andrew | 0001 | MTC-00004544
Gillenwater, Carol | 0001 | MTC-00023849
gillesdebordeaux@ hotmail.com | 0001 | MTC-00028597
Gillespie | 0001 | MTC-00032735
Gillespie, Dick | 0001 | MTC-00022787
Gillespie, George | 0001 | MTC-00011489
Gillespie, James | 0001 | MTC-00021131
Gillespie, James | 0001 | MTC-00031115
Gillespie, Peter | 0001 | MTC-00000636
Gillespie, Peter | 0001 | MTC-00018770
Gillespie, Ryan Neil | 0001 | MTC-00017651
Gillett, Joan | 0001 | MTC-00012356
Gillette, brad | 0001 | MTC-00020420
Gillette, Graham | 0002 | MTC-00028817
Gillette, Janet | 0001 | MTC-00029288
Gilliam, Harris L. | 0002 | MTC-00010695
Gilliland, Bill | 0001 | MTC-00018553
Gilliland, John | 0001 | MTC-00030589
Gilliland, Sterling | 0001 | MTC-00030693
Gillings, Jeff | 0001 | MTC-00011950
Gillis, John | 0002 | MTC-00033248
Gillispie, Dean | 0001 | MTC-00028672
Gillmann, Richard | 0001 | MTC-00002442
Gillmann, Richard | 0001 | MTC-00009682
Gilman, David | 0001 | MTC-00025156
Gilman, David J. | 0001 | MTC-00006449
Gilman, Imad | 0001 | MTC-00018000
Gilmer, Lyn | 0001 | MTC-00007792
Gilmore, Douglas | 0001 | MTC-00006223
Gilmore, Gil | 0001 | MTC-00019276
Gilmore, Jeff | 0001 | MTC-00014918
Gilmore, John | 0001 | MTC-00027285
Gilmore, Kenneth | 0001 | MTC-00000338
Gilpatrick, George | 0001 | MTC-00019752
Gilson, Thomas | 0001 | MTC-00002457
Gilstrap, John | 0001 | MTC-00030527
Gilstrees@ aol.com | 0001 | MTC-00028187
Gilstrom, Lars | 0001 | MTC-00014842
Gilvary, Joseph | 0001 | MTC-00027605
Gilvary, Susan | 0001 | MTC-00028992
Gilvery, T. Shannon | 0001 | MTC-00021888
Gimple, Warren E. | 0001 | MTC-00002041
Gimple, Warren E. | 0001 | MTC-00002399
Gimse, Jo and James | 0001 | MTC-00026664
Gin-Howard, Y. Silva and Malcolm | 0001 | MTC-00015527
Gindi, Alee | 0002 | MTC-00026588
Ginellini, Dan | 0001 | MTC-00023684
Giner - Sorolla, Roger | 0001 | MTC-00017767
Ging, Nancy | 0001 | MTC-00022709
ginin | 0001 | MTC-00007737
Ginsberg, Joshua Adam | 0002 | MTC-00009898
Ginter, Brian | 0001 | MTC-00002785
Gioffre, Edward | 0001 | MTC-00006003
Giordano, Khouri | 0002 | MTC-00024874
Giorgino, Michael S. | 0001 | MTC-00030465
Giosso, Theresa | 0002 | MTC-00031937
Giovannini, John | 0001 | MTC-00009182
gip4yall@ aol.com | 0001 | MTC-00028609
Gipson, Connie | 0001 | MTC-00009745
Giramma, Robert | 0001 | MTC-00024530
Girard, Robert and Shirley | 0001 | MTC-00006168
Girdner, Rick | 0001 | MTC-00012140
Girdner, Rick | 0001 | MTC-00008991
Girdner, Rick | 0001 | MTC-00028880
girls@ citigraphics.com | 0001 | MTC-00028081
Girodano, Khouri | 0001 | MTC-00017205
Giroux, Richard | 0002 | MTC-00018436
Girt, John | 0001 | MTC-00009765
Girton, Dan | 0001 | MTC-00021121
Gish, Bill | 0001 | MTC-00022378
Gish, Lloyd | 0001 | MTC-00021860
Gish, William D. | 0001 | MTC-00008118
Gisleson, Mark | 0001 | MTC-00026739
Gittleman, Art | 0001 | MTC-00023000
Giubbini, Joseph and Janette | 0001 | MTC-00006813
Giunta, Joe | 0001 | MTC-00007942
Givens, Denny | 0001 | MTC-00015605
Givens, Gregg | 0005 | MTC-00003195
Givens, Gregg | 0002 | MTC-00002874
Giza, Joe | 0002 | MTC-00032283
Gjersee, Liz | 0001 | MTC-00006232
Gjmoran@ msn.com | 0001 | MTC-00011395
Gjorde, Tom | 0001 | MTC-00031550
gkern | 0003 | MTC-00025842
Gkern | 0001 | MTC-00018826
gkern | 0001 | MTC-00025844
Gladstone, Bruce | 0001 | MTC-00005304
Gladstone, Philip | 0001 | MTC-00016431
Gladu, John | 0001 | MTC-00013752
Glahn, John | 0001 | MTC-00023248
Glandiel, Robert | 0001 | MTC-00010313
Glandorf, Joseph | 0001 | MTC-00012893
Glaney, Malcolm | 0001 | MTC-00003563
Glanmark, Richard | 0001 | MTC-00014966
Glascock, Tom | 0001 | MTC-00000447
Glascock, Tom | 0001 | MTC-00003674
Glaseman, George C. | 0001 | MTC-00006904
Glaser, Larry | 0001 | MTC-00005964
Glasgon, John | 0001 | MTC-00005015
Glass, Adam | 0001 | MTC-00024048
Glass, Brett | 0003 | MTC-00011441
Glass, Jason C. | 0001 | MTC-00018776
Glass, Steve | 0001 | MTC-00008587
Glass, Terry | 0001 | MTC-00008930
Glass, Werner | 0001 | MTC-00005788
Glasscock, Joe | 0001 | MTC-00020076
Glassey, Peter | 0001 | MTC-00022346
Glassman, Donald | 0001 | MTC-00031657
Glatz, Walter | 0002 | MTC-00033457
Glauser, Kath | 0001 | MTC-00032754
Glavey, Paul | 0001 | MTC-00030792
Glaysher, Elliot | 0005 | MTC-00030269
Glazer, Jason | 0001 | MTC-00004742
Glazer, Jeanne Sarfaty | 0001 | MTC-00024944
Gleason, John | 0002 | MTC-00030668
Gleason, Tom | 0001 | MTC-00013640
Gleason, Truman J. | 0001 | MTC-00023939
Gledhill, Joesph | 0001 | MTC-00024367
Glegg, Donald C. | 0001 | MTC-00028034
glen@ newhopemin.org | 0001 | MTC-00014676
Glenday, George | 0001 | MTC-00031758
Glenday, George A. | 0001 | MTC-00025000
Glenn, Doug | 0002 | MTC-00003559
Glenn, Douglas N. | 0004 | MTC-00023338
Glenn, James | 0001 | MTC-00009872
Glenn, Mary | 0001 | MTC-00013970
Glenn, Mary Jo | 0001 | MTC-00021003
Glenn, Robert A. | 0001 | MTC-00028440
Glenn, Scott | 0001 | MTC-00019616
Glenn, Walter | 0001 | MTC-00006079
GLHGLHGLH@ aol.com | 0001 | MTC-00019550
Glibbe, Roger | 0002 | MTC-00001507
Glick, Ned | 0001 | MTC-00004327
Glickman, Amir | 0001 | MTC-00032004
Glickman, Eileen Jack | 0001 | MTC-00014803
Glidewell, James | 0001 | MTC-00019545
Glik, Michael | 0001 | MTC-00022972
Glimar, Leandro | 0001 | MTC-00003490
Glines, William C. | 0001 | MTC-00023481
globarr@ yahoo.com | 0001 | MTC-00014530
Glover, Joshua | 0002 | MTC-00018470
Glover, Robert | 0001 | MTC-00003856
Glover, William | 0001 | MTC-00025735
Glow, Ed | 0001 | MTC-00002450
Gloyna, Emmett | 0001 | MTC-00025640
Gloyna, Emmett | 0001 | MTC-00025641
glsswrks@ gallatinriver.net | 0001 | MTC-00010936
Glutting, JP | 0002 | MTC-00032118
Glynn, Scott | 0001 | MTC-00029942
gmarshall@ bkiusa.com | 0001 | MTC-00021987
gmasterson@ buffalo- | 0001 | MTC-00012727
computergraphics.com
GMBAH | 0001 | MTC-00006348
gmckibbin@ leerlp.com | 0001 | MTC-00012743
gneeko@ capital.net | 0001 | MTC-00010401
Gneywitt, Christina | 0001 | MTC-00025148
GNI Commerce, Inc. | 0001 | MTC-00021090
Gniazdowski, Steven | 0001 | MTC-00008816
Goates, Robert R. | 0001 | MTC-00023267
Goben, John | 0001 | MTC-00020558
Gobin, Betty Jean | 0001 | MTC-00021813
Gochnauer, Bobby | 0001 | MTC-00012476
Gockley, Brian | 0001 | MTC-00026681
Goday, Jorge | 0001 | MTC-00027969
Godbey, David | 0001 | MTC-00013634
Godbold, Cash | 0001 | MTC-00026609
Goddard, Craig | 0001 | MTC-00007385
Goddard, Lance | 0001 | MTC-00002335
Goddard, Tommy | 0001 | MTC-00028825
Goddard, Virginia | 0001 | MTC-00013625
Godfree, Nathanna | 0002 | MTC-00030635
Godfree, Nathanna | 0007 | MTC-00030679
Godfrey, Bill | 0001 | MTC-00013543
Godfrey, Bob; Murphy, Chris; et. al. | 0003 | MTC-00022698
Godfrey, Eric | 0001 | MTC-00013548
Godfrey, Keith | 0001 | MTC-00009332
Godfrey, Keith | 0003 | MTC-00005363
Godfrey, Nancy | 0001 | MTC-00023888
Godfrey, Robert | 0001 | MTC-00002193
Godinez, Lydia | 0001 | MTC-00029463
Godino, Thomas P. | 0001 | MTC-00029710
Godlool, Anil | 0001 | MTC-00025354
Godoy, Gustavo | 0002 | MTC-00029749
Godoy, Jorge | 0001 | MTC-00029954
Godoy, Jorge | 0001 | MTC-00006936
Godshall, David | 0003 | MTC-00002260
Godwin, George | 0001 | MTC-00012285
Godwin, George | 0001 | MTC-00029231
Goeke, Kevin | 0001 | MTC-00000846
Goelst, Mac | 0001 | MTC-00006177
Goeltz, William | 0001 | MTC-00020593
Goemaat, Jeremy | 0002 | MTC-00032233
Goeppele, Mary Ann | 0001 | MTC-00029416
Goers, Ronald | 0002 | MTC-00006455
Goertzen, Stephen | 0001 | MTC-00002398
Goerwitz, Richard | 0001 | MTC-00003148
Goethe, Paul | 0001 | MTC-00011643
Goetsch, Paul | 0001 | MTC-00012090
Goetz, Joyce | 0001 | MTC-00025697
Goetz, Tad C. | 0002 | MTC-00025165
Goewey, West | 0001 | MTC-00010659
Goff, Bert | 0001 | MTC-00027368
Goff, C.B. | 0001 | MTC-00011722
Goff, Jeffrey | 0001 | MTC-00017512
Goff, Ken | 0002 | MTC-00001866
Goff, Ken | 0002 | MTC-00004649
Goff, Kenneth | 0001 | MTC-00011802
Goff, Samuel | 0004 | MTC-00010604
gogadgetstubbscnetscape.net | 0001 | MTC-00028152
gogoris, Adda | 0001 | MTC-00006636
Goguen, Stephen | 0001 | MTC-00015364
Goguey, Pascal | 0002 | MTC-00027627
Gohar, Lawrence | 0002 | MTC-00016887
Goins, Bill | 0001 | MTC-00027107
Golba, Tim | 0001 | MTC-00029944
Golchale, Vin | 0001 | MTC-00025288
Gold, Craig W. | 0001 | MTC-00003912
Gold, Criag W. | 0001 | MTC-00003914
Gold, Eric | 0001 | MTC-00016869
Gold, Gerald N. | 0001 | MTC-00011954
Gold, Lawrence | 0001 | MTC-00012207
Goldbach, Jeanne | 0001 | MTC-00013663
Goldband, Fernat | 0001 | MTC-00031822
Goldbeck, Sandra | 0001 | MTC-00026225
Goldberg, Adrian | 0001 | MTC-00010796
Goldberg, Alan | 0001 | MTC-00006761
Goldberg, Andrew | 0001 | MTC-00011017
Goldberg, Andrew | 0001 | MTC-00011376
Goldberg, Gary | 0002 | MTC-00018485
Goldbernberg, Ken | 0001 | MTC-00017187
Golden, David A. | 0001 | MTC-00018683
Golden, Henry | 0001 | MTC-00012646
Golden, Kenneth | 0002 | MTC-00032174
Golden, Kenneth | 0002 | MTC-00032467
Golden, Steve | 0002 | MTC-00010248
Golden, Steven | 0001 | MTC-00031003
Goldenberg, Marvin | 0001 | MTC-00029850
Goldengatehats@ cs.com | 0001 | MTC-00016017
Goldfinger, Alex | 0001 | MTC-00023072
Goldmacher, Steven | 0001 | MTC-00032778
Goldman, Herrick | 0001 | MTC-00018839
Goldne, Yvonne | 0001 | MTC-00012654
Goldner, Lynnette | 0003 | MTC-00003955
Goldsby, Steve | 0001 | MTC-00015079
Goldsby, Steve | 0001 | MTC-00002611
Goldschmidt, David | 0001 | MTC-00029074
Goldshlack, Dan | 0001 | MTC-00018692
Goldsmith, Dana | 0001 | MTC-00010946
Goldstein, Adam | 0001 | MTC-00017545
Goldstein, David | 0001 | MTC-00031896
Goldstein, Henriette | 0001 | MTC-00007035
Goldstein, Larry Joel | 0001 | MTC-00030891
Goldstein, Mark | 0001 | MTC-00029720
Goldston, Bill | 0001 | MTC-00023144
Goldthurp, Peter | 0001 | MTC-00028299
Golightly, Scott | 0001 | MTC-00021830
goliver@ kih.net | 0001 | MTC-00028170
Gollum, Brian | 0002 | MTC-00027818
Golovin, Paul | 0001 | MTC-00003698
Golowich, Steve | 0001 | MTC-00027372
Goltiaux, Gloria | 0001 | MTC-00008312
Goltl, Evan | 0001 | MTC-00024017
Golubic, Vince F. | 0002 | MTC-00027894
Golubovich, Milorad | 0002 | MTC-00025532
Golubski, Kenneth | 0002 | MTC-00032280
Goluch, Jim A. | 0002 | MTC-00010720
Goluguri, Jaya Bharath | 0001 | MTC-00029809
Golwala, Gautam | 0001 | MTC-00017869
Gombos, Ray | 0001 | MTC-00032085
Gombro, Michael | 0002 | MTC-00005478
Gomez, Fausto | 0002 | MTC-00029738
Gomez, Lou | 0002 | MTC-00030678
Gomez, Nile | 0001 | MTC-00012251
Gomez, Robert | 0001 | MTC-00016530
Gomloos, Frank | 0001 | MTC-00025382
Gomm, Lola and Thiel | 0001 | MTC-00020283
Gon, LK | 0001 | MTC-00023763
Gondhi, Dhvanika P. | 0001 | MTC-00003006
Gong, Carolyn | 0001 | MTC-00006872
Gonie, Joseph | 0001 | MTC-00012643
Gonjon, Quincin | 0001 | MTC-00004885
Gonjon, Quincin | 0002 | MTC-00004954
Gonjon, Quinein | 0001 | MTC-00004920
Gontrez, Pete | 0001 | MTC-00032120
Gonya, Austin | 0001 | MTC-00029169
Gonyea, Chris | 0001 | MTC-00000795
Gonyou, Austin | 0001 | MTC-00029102
Gonzales, Art | 0001 | MTC-00003393
Gonzales, Eugene | 0001 | MTC-00023209
Gonzales, Jeanette | 0001 | MTC-00027991
Gonzales, Jerry | 0001 | MTC-00013261
Gonzales, Jerry | 0001 | MTC-00006649
Gonzalez, Carlos | 0002 | MTC-00017786
Gonzalez, Carlos | 0001 | MTC-00033709
Gonzalez, Herbert | 0001 | MTC-00025873
Gonzalez, Salvador | 0001 | MTC-00015038
Gonze, Lucas | 0001 | MTC-00015855
Good, Fred | 0001 | MTC-00013592
Good, James | 0001 | MTC-00008660
Goodale, Mark | 0001 | MTC-00000685
Goodall, Caroline | 0001 | MTC-00029460
Goode, Bill | 0001 | MTC-00010061
Goode, Bill | 0001 | MTC-00012710
Goode, Margaret | 0001 | MTC-00031708
Goodejohn, Michael L. | 0001 | MTC-00007284
Goodheart, Ron | 0001 | MTC-00018294
Gooding, Rodney | 0001 | MTC-00024526
Goodjohn, Jack | 0001 | MTC-00002344
Goodm, Lance | 0002 | MTC-00030691
Goodman, Kintey C. | 0001 | MTC-00019917
Goodman, Mike | 0001 | MTC-00004569
Goodman, Ron | 0001 | MTC-00000828
Goodman, Steve | 0001 | MTC-00031044
Goodman, Wilbur | 0002 | MTC-00027278
Goodnough, John | 0001 | MTC-00025606
Goodpaster, Robert L. | 0001 | MTC-00010660
Goodpastor, Walt | 0001 | MTC-00027737
Goodrich, David J. | 0001 | MTC-00029631
Goodrich, Edward | 0001 | MTC-00024914
Goodrich, Edward | 0001 | MTC-00027888
Goodrich, Leo T. | 0001 | MTC-00029705
Goodrich, Steven | 0001 | MTC-00005790
Goodrum, Theresa | 0001 | MTC-00026312
Goodson, Joe | 0001 | MTC-00010090
Goodwill, R. E. | 0001 | MTC-00008706
Goodwin, Ben | 0001 | MTC-00005800
Goodwin, David | 0001 | MTC-00017560
Goodwin, Derrick | 0001 | MTC-00002218
Goodwin, Edwin | 0001 | MTC-00025685
Goodwin, Gerald | 0007 | MTC-00010688
Goodwin, James | 0001 | MTC-00021422
Goodwin, Jana Marie | 0001 | MTC-00028845
Goodwin, John | 0001 | MTC-00022509
Goodwin, Wilbur | 0001 | MTC-00008834
Goodwin, Wilbur | 0001 | MTC-00030823
Goodwyn, Robert | 0001 | MTC-00032906
Goodyear, Douglas | 0001 | MTC-00024818
Goodyear, Trevor | 0001 | MTC-00019383
goofy1432@ goofy1432.dhs.org | 0001 | MTC-00018403
Gooley, Kathy | 0001 | MTC-00011637
Goorey, Robert | 0001 | MTC-00013673
Goosey, Malcolm H. | 0001 | MTC-00003082
Goossen, Matthew G. | 0001 | MTC-00001707
Gopalakrishnan, R. | 0002 | MTC-00019593
Goppold, Michael S. | 0001 | MTC-00010845
Gorbett, Shawn P. | 0002 | MTC-00015472
Gorden, Casey | 0002 | MTC-00018195
Gordhamer, Donald | 0001 | MTC-00019427
Gordley, Rich | 0001 | MTC-00015442
Gordon, Bill | 0001 | MTC-00017454
Gordon, Bob | 0001 | MTC-00027643
Gordon, Dave | 0002 | MTC-00013105
Gordon, David | 0001 | MTC-00012429
Gordon, Ethel | 0001 | MTC-00020976
Gordon, Eugene | 0001 | MTC-00007380
Gordon, Jay | 0001 | MTC-00022037
Gordon, Russell | 0001 | MTC-00025422
Gordon, Shawn | 0001 | MTC-00030683
Gordon, Shelley | 0001 | MTC-00010630
Gordon, Tom | 0001 | MTC-00010523
Gordon, Tom | 0002 | MTC-00009583
GORDYmac2k | 0001 | MTC-00013541
Gore, Richard | 0001 | MTC-00002577
Gorelick, Elliott | 0001 | MTC-00016328
Goren, Ben | 0001 | MTC-00016834
Gorham, John | 0001 | MTC-00022463
Gorham, Joyce L. | 0001 | MTC-00033154
Gorman, David | 0001 | MTC-00014711
Gorman, Doug | 0001 | MTC-00009237
Gorman, Doug | 0001 | MTC-00022183
Gorman, John | 0001 | MTC-00031007
Gorman, S | 0001 | MTC-00030179
Gorman, Thomas | 0001 | MTC-00022944
Gorman, William | 0001 | MTC-00018073
Gormar, Klaus | 0001 | MTC-00023263
Gorrell, Michael | 0001 | MTC-00000722
Gorski, Mike | 0001 | MTC-00030980
Gorski, Paul | 0001 | MTC-00001818
Gorski, Tim | 0001 | MTC-00005124
Gorton, Richard | 0001 | MTC-00024741
Gorton, Sam | 0001 | MTC-00016763
Goscha, Daniel | 0001 | MTC-00015776
Gosewehr, Roy | 0001 | MTC-00001228
Gosh, Randall | 0001 | MTC-00012321
Gosnell, Chris | 0002 | MTC-00024368
Gosnell, D. | 0001 | MTC-00009194
Gosselin, Donald E. and Blande | 0001 | MTC-00014242
Gosser, Gregory M. | 0001 | MTC-00014467
Gossett, David | 0197 | MTC-00028684
Gossett, Joel | 0001 | MTC-00010968
Gothdove@ att.net | 0001 | MTC-00011181
gotip@ earthlink.net | 0001 | MTC-00011327
Gotshall, Gayle | 0001 | MTC-00029186
Gotshall, ron | 0001 | MTC-00024354
Gott, Forrest | 0001 | MTC-00002590
Gott, Graeme | 0001 | MTC-00009866
Gott, Jack | 0001 | MTC-00019135
Gott-Dinsmore, Stefanie | 0001 | MTC-00015273
Gottlieb, Jim | 0002 | MTC-00020363
Gottlieb, Ophir | 0001 | MTC-00018785
Gottlieb, Steven M. | 0001 | MTC-00000391
Gottshalk, Tom | 0002 | MTC-00001631
Gottshalk, Tom | 0001 | MTC-00011687
Gottshalk, Tom | 0002 | MTC-00005395
Gotuaco, Betty | 0001 | MTC-00006196
Goudelocke, Ryan M. | 0001 | MTC-00019698
Goudhamer, Gary | 0002 | MTC-00027734
Gouge, Deborah | 0002 | MTC-00029368
Gough, Valient | 0002 | MTC-00004939
Gould, A.R. | 0001 | MTC-00021134
Gould, Dave | 0001 | MTC-00011250
Gould, David | 0001 | MTC-00000939
Gould, Scott | 0001 | MTC-00009947
Gould, Stand | 0001 | MTC-00001441
Goulet, Maurice and Patter, Betsey | 0002 | MTC-00031361
Goun, Matt | 0001 | MTC-00028288
Gound, Scottie | 0001 | MTC-00006230
Gounris, Anna | 0001 | MTC-00031767
Gous, Andre | 0003 | MTC-00007085
Gouss, Bernard | 0001 | MTC-00006690
Govern, Michael | 0001 | MTC-00005121
Govern, Michael | 0001 | MTC-00006270
Govern, Michael | 0001 | MTC-00012777
Gow, Ed | 0001 | MTC-00014045
Gowans, James | 0001 | MTC-00013424
Gowarty, Mark | 0002 | MTC-00010637
Gowens, Daniel | 0001 | MTC-00023772
Gowland, George | 0001 | MTC-00005502
Goyal, Anuj | 0001 | MTC-00012847
Goyder, Russell | 0001 | MTC-00015116
Goyen, Beverly | 0001 | MTC-00030009
Goyen, Pat | 0001 | MTC-00014179
Gozrulak, Larry | 0002 | MTC-00022039
GPM | 0001 | MTC-00014659
gpnash@ yahoo.com | 0001 | MTC-00004020
gpoppl@ juno.com | 0001 | MTC-00021948
gppatnude@ juno.com | 0001 | MTC-00005992
GR121000@ aol.com | 0001 | MTC-00011693
Graba, Lee | 0001 | MTC-00019514
Graber, Jeffrey | 0001 | MTC-00005427
Graber, Jeffrey | 0001 | MTC-00008604
Graber, Jeffrey C. | 0001 | MTC-00003941
Graber, Jeffrey C. | 0001 | MTC-00012538
Graber, Jeffrey C. | 0001 | MTC-00025992
Grabowski, Paul | 0002 | MTC-00025917
Grabowsky, Robert | 0002 | MTC-00014963
Grace Becher | 0001 | MTC-00019704
Grace, Christopher | 0001 | MTC-00020252
Grace, Ray | 0001 | MTC-00030461
Gracey, Jonathan | 0001 | MTC-00013757
Gracey, Jonathan | 0001 | MTC-00001594
Gracey, Louie | 0001 | MTC-00025905
Gracie, Michael | 0002 | MTC-00031984
Graczykowski, Peter | 0001 | MTC-00012658
Gradick, Craig | 0001 | MTC-00009046
Gradowski, Jim | 0001 | MTC-00030061
Gradt, Myron | 0001 | MTC-00007992
Gradwohl, Greg | 0001 | MTC-00003622
Grady, Thomas | 0001 | MTC-00020578
Grady, Tim | 0001 | MTC-00008639
Graeber, Paul | 0001 | MTC-00007671
Graehl, Jonathan | 0003 | MTC-00018155
Graessle, Mike | 0001 | MTC-00021606
Graff, Benjamin | 0001 | MTC-00022432
Graff, Kathy A. | 0001 | MTC-00018467
Graffis, Kelly R. | 0001 | MTC-00002411
Graham, Anthony | 0001 | MTC-00001935
Graham, Bill | 0001 | MTC-00017101
Graham, Bonnie | 0001 | MTC-00023741
Graham, Bud | 0001 | MTC-00025077
Graham, Charles | 0002 | MTC-00001119
Graham, Charles | 0003 | MTC-00025236
Graham, Christopher J. | 0001 | MTC-00004540
Graham, David | 0001 | MTC-00011110
Graham, David | 0001 | MTC-00009536
Graham, David A. | 0001 | MTC-00033703
Graham, Deron | 0001 | MTC-00017511
Graham, Emerson | 0001 | MTC-00008231
Graham, Emerson H. | 0001 | MTC-00008225
Graham, Farrell | 0001 | MTC-00032059
Graham, Kathie | 0001 | MTC-00031809
Graham, Ken | 0006 | MTC-00024875
Graham, Ken | 0001 | MTC-00029939
Graham, Marv | 0003 | MTC-00013293
Graham, Marv | 0002 | MTC-00014143
Graham, Matt | 0001 | MTC-00015741
Graham, Michael | 0001 | MTC-00008978
Graham, Mike | 0001 | MTC-00018815
Graham, Mike | 0002 | MTC-00023950
Graham, Milford | 0001 | MTC-00011176
Graham, Randall & Lynn | 0001 | MTC-00022358
Graham, Saundra | 0001 | MTC-00029394
Graham, Tom M. | 0001 | MTC-00007396
Graham, Ward | 0001 | MTC-00021903
Graham, Yvonne | 0001 | MTC-00001251
Graham-Smith, Darien | 0001 | MTC-00015519
Grahame | 0001 | MTC-00005489
Graichen, Othniel | 0004 | MTC-00028735
Gramlich, Joshua | 0001 | MTC-00013417
Grammer, Lydia | 0001 | MTC-00030973
Gramze, Catherine | 0001 | MTC-00000724
Gramze, Cathrine | 0001 | MTC-00019546
Gran, Rik | 0007 | MTC-00018397
Granadosih, Stephen | 0002 | MTC-00025556
Granberry, Curtis E. | 0001 | MTC-00006615
Grande, Mario | 0001 | MTC-00006185
Grandy, Gary & Elizabeth | 0001 | MTC-00008137
Grandy, George | 0002 | MTC-00011173
Granek, Josh | 0002 | MTC-00023985
Graner, Guy | 0003 | MTC-00025729
Granfield, MIke | 0001 | MTC-00031653
Granger, Bruce T. | 0001 | MTC-00028728
Granger, Greg | 0001 | MTC-00002197
Granger, Greg | 0001 | MTC-00004441
Granoff, Howard W. | 0001 | MTC-00025925
Granston, Don | 0001 | MTC-00009854
gransuzi@ aol.com | 0001 | MTC-00021414
Grant, Calvin | 0001 | MTC-00020405
Grant, Corey | 0001 | MTC-00019626
Grant, Daniel Hicky | 0002 | MTC-00030515
Grant, David M. | 0001 | MTC-00028450
Grant, Jonathan | 0001 | MTC-00020487
Grant, Marianne | 0001 | MTC-00029235
Grant, Richard | 0002 | MTC-00033313
Grant, Rob | 0001 | MTC-00006482
Grant, Scott | 0001 | MTC-00010496
Grant, Shawn | 0001 | MTC-00017076
Grant, Todd | 0001 | MTC-00027161
Grant-Mitchell, Patrice | 0001 | MTC-00022776
Grantges, Terence W. | 0001 | MTC-00016587
Grantham, Daniel Jr. | 0001 | MTC-00021058
Grantham, David | 0001 | MTC-00024730
Grantham, Mariann | 0001 | MTC-00015195
Grapes, Phil | 0001 | MTC-00017746
Graphic, Dexter | 0001 | MTC-00017641
Grascbner, Randy | 0001 | MTC-00015093
Graser, David | 0001 | MTC-00017858
Grasmick, Bob | 0002 | MTC-00033652
Grassi, Edward | 0001 | MTC-00031508
Grassle, Betty | 0001 | MTC-00030284
Grassman, Brent | 0001 | MTC-00018787
Grasso, Christopher A. | 0001 | MTC-00002443
Gration, Dorothy | 0002 | MTC-00029590
Gratz, W.W. (Bill) | 0001 | MTC-00031321
Gratz, W.W. (Bill) | 0001 | MTC-00031322
Gratzl, Max | 0001 | MTC-00009243
Graube, Maris | 0001 | MTC-00031199
Grauch, John | 0001 | MTC-00027227
Grauman, Joyce | 0001 | MTC-00006949
Grauman, Walter E. | 0001 | MTC-00007255
Grave, Brian | 0001 | MTC-00011178
Grave, Sally | 0002 | MTC-00032272
Gravel, Robert | 0001 | MTC-00012118
Graves, Herb | 0001 | MTC-00009171
Graves, James R. | 0002 | MTC-00029968
Graves, Jon A. | 0002 | MTC-00029570
Graves, Lawrence | 0002 | MTC-00004683
Graves, Richard | 0002 | MTC-00032225
Graves, Richard | 0002 | MTC-00032458
Graves, Ron | 0001 | MTC-00031028
Graves, Ron | 0001 | MTC-00007854
Gravis, James | 0001 | MTC-00010364
Gravitt, Bennie | 0002 | MTC-00023922
Gravitt, Bennie | 0002 | MTC-00033403
Gravlin, Tim | 0001 | MTC-00003018
Gray, Aidan | 0001 | MTC-00007078
Gray, Andrew | 0001 | MTC-00015030
Gray, Bernice | 0001 | MTC-00027078
Gray, Cynthia | 0001 | MTC-00012944
Gray, David | 0001 | MTC-00013248
Gray, David | 0001 | MTC-00022915
Gray, David | 0002 | MTC-00032238
Gray, David R. | 0001 | MTC-00028314
Gray, Douglas | 0001 | MTC-00027499
Gray, Eugene D. | 0001 | MTC-00025946
Gray, Kevin L. | 0001 | MTC-00013577
Gray, Lyons | 0001 | MTC-00031347
Gray, Mark | 0001 | MTC-00016131
Gray, Nathaniel | 0002 | MTC-00025234
Gray, Peter | 0001 | MTC-00001431
Gray, Richard | 0001 | MTC-00031310
Gray, Tim | 0001 | MTC-00016866
Gray, William | 0001 | MTC-00003188
Gray, Willis | 0001 | MTC-00012170
Graybash, Peter | 0001 | MTC-00013242
Grayson, Ashley | 0001 | MTC-00026961
Grayson, Donald | 0001 | MTC-00015456
Grayson, Tom | 0001 | MTC-00008901
Greaney, George | 0002 | MTC-00033085
Greatbach, Paul | 0002 | MTC-00013367
Greatbatch, Paul | 0001 | MTC-00009924
Greatbatch, Paul | 0002 | MTC-00012569
Greater Bakersfield Chamber of Commerce | 0001 | MTC-00031182
Greathouse, Robb | 0001 | MTC-00016345
Greathouse, Scott | 0002 | MTC-00004219
Greaves, Pamela | 0001 | MTC-00026416
Greco, Carmine | 0001 | MTC-00016218
Greco, Richard | 0001 | MTC-00007362
Greeland, Gary | 0001 | MTC-00025482
Green Jack | 0001 | MTC-00019581
Green, Barbara | 0001 | MTC-00021931
Green, Benjamin | 0001 | MTC-00032970
Green, Bert | 0002 | MTC-00033157
Green, Bryan | 0001 | MTC-00015586
Green, Ellen | 0001 | MTC-00029166
Green, Gayle | 0002 | MTC-00010625
Green, Gayle | 0002 | MTC-00025240
Green, George | 0001 | MTC-00012495
Green, Glenn | 0002 | MTC-00004907
Green, Harold | 0001 | MTC-00024267
Green, Herbert L. | 0001 | MTC-00002580
Green, Ida Vitula | 0001 | MTC-00005101
Green, Ira and William | 0001 | MTC-00026371
Green, James | 0002 | MTC-00018384
Green, Jason | 0001 | MTC-00015296
Green, Jeremy | 0001 | MTC-00014812
Green, Jill | 0001 | MTC-00029857
Green, Jill | 0001 | MTC-00030053
Green, John | 0001 | MTC-00012441
Green, John | 0001 | MTC-00023866
Green, John | 0002 | MTC-00032512
Green, Margaret | 0002 | MTC-00014059
Green, Margaret and Doug | 0001 | MTC-00010774
Green, Margaret and Doug | 0001 | MTC-00012053
Green, Mariann | 0001 | MTC-00023361
Green, Michael | 0001 | MTC-00030714
Green, Ralph Jr. | 0005 | MTC-00028003
Green, Randy | 0001 | MTC-00020862
Green, Rhonda | 0001 | MTC-00029702
Green, Rob | 0002 | MTC-00005466
Green, Robert | 0001 | MTC-00012945
Green, Rolly | 0001 | MTC-00021525
Green, Sam | 0001 | MTC-00008889
Green, Stephen | 0001 | MTC-00022279
Green, Steve | 0001 | MTC-00027613
Green, Terry | 0001 | MTC-00006209
Green, Wes | 0001 | MTC-00005977
Greenbach, Susan | 0001 | MTC-00028445
Greenbalt, David | 0001 | MTC-00022489
Greenbaumn, Leslie | 0001 | MTC-00013835
Greenberg, Albert S. | 0001 | MTC-00006541
Greenberg, David | 0001 | MTC-00015345
Greenberg, David S. | 0001 | MTC-00018921
Greenberg, Jeff I. | 0002 | MTC-00002050
Greenberg, Lee | 0001 | MTC-00027352
Greenberg, Michael | 0001 | MTC-00017465
Greenberry, Curtis E. | 0001 | MTC-00030129
Greene | 0001 | MTC-00010224
Greene, Bob | 0001 | MTC-00003950
Greene, Brad | 0001 | MTC-00013914
Greene, David | 0002 | MTC-00018452
Greene, Farida | 0001 | MTC-00013525
Greene, James Doc | 0001 | MTC-00009160
Greene, Jason | 0001 | MTC-00016898
Greene, Jeffrey | 0001 | MTC-00015964
Greene, Jim | 0001 | MTC-00008136
Greene, Kasi | 0002 | MTC-00019809
Greene, Larry | 0001 | MTC-00008458
Greene, Lawrence | 0002 | MTC-00033628
Greene, Mark | 0001 | MTC-00018313
Greene, Michael | 0001 | MTC-00006372
Greene, Robert | 0001 | MTC-00030991
Greene, Wallace | 0001 | MTC-00012105
Greene, William | 0001 | MTC-00016942
Greenfeld, Samuel | 0004 | MTC-00027621
Greenfield, Brock L. | 0001 | MTC-00030072
Greenfield, Ed | 0001 | MTC-00025921
Greenfield, Jay | 0001 | MTC-00008852
Greenfield, Jeff | 0001 | MTC-00015688
Greenfield, Mike | 0001 | MTC-00003152
Greenhard, Theresa C. | 0001 | MTC-00008812
Greenhaw, Kevin | 0001 | MTC-00024456
Greenleaf, Robert | 0001 | MTC-00002108
Greenlees, Priscilla | 0001 | MTC-00031613
Greensides, William | 0001 | MTC-00007390
Greenwell, Patrick | 0003 | MTC-00019490
Greenwood, Andy | 0001 | MTC-00008679
Greenwood, Brian | 0001 | MTC-00028569
Greenwood, David | 0002 | MTC-00033466
Greenwood, Fred | 0002 | MTC-00033464
Greenwood, Fred H. | 0001 | MTC-00010484
Greenwood, Jason | 0001 | MTC-00004061
Greer, Daniel | 0002 | MTC-00032061
Greer, Henry A. | 0001 | MTC-00016367
Greer, Joyce | 0001 | MTC-00029179
Greer, phil | 0001 | MTC-00017140
Greer, Sandy | 0001 | MTC-00003218
Greers, Chris | 0001 | MTC-00001392
Greg | 0001 | MTC-00003312
Greg | 0001 | MTC-00006831
Greg G | 0001 | MTC-00023107
Greg, Thomy | 0001 | MTC-00023881
greg@ wtg.usdoj.gov | 0001 | MTC-00019038
Gregan, Chris | 0002 | MTC-00009771
Gregan, Chris | 0002 | MTC-00018843
Greger, Bradley | 0001 | MTC-00023867
Greger, Bradley | 0001 | MTC-00033362
Gregg, Arnold | 0001 | MTC-00000389
Gregg, Bob | 0001 | MTC-00011370
Gregg, Guy | 0003 | MTC-00030303
Gregg, Guy R. | 0002 | MTC-00030232
Gregg, John | 0001 | MTC-00019830
Gregg, Kenneth S. | 0001 | MTC-00031088
Gregg, Randall | 0001 | MTC-00012587
Gregoire, Christine | 0002 | MTC-00030279
Gregoire, Robert | 0001 | MTC-00008477
Gregory, Adam | 0001 | MTC-00000514
Gregory, Aline | 0001 | MTC-00028930
Gregory, Barbara | 0001 | MTC-00007687
Gregory, Brian | 0001 | MTC-00028019
Gregory, Chris | 0001 | MTC-00029831
Gregory, Forrest | 0001 | MTC-00029865
Gregory, Joseph | 0001 | MTC-00010290
Gregory, Kathie | 0001 | MTC-00021884
Gregory, Mark | 0001 | MTC-00001081
Gregory, Rachel | 0001 | MTC-00013879
Gregory, Shad | 0001 | MTC-00015645
Gregory, Sherwood | 0001 | MTC-00020731
Gregory, Zan | 0001 | MTC-00022873
gregury@ ns.areasecure.com | 0001 | MTC-00002007
Grehan, Yvonne | 0001 | MTC-00011456
Grehan, Yvonne | 0001 | MTC-00022828
Greider, Gordon | 0001 | MTC-00014086
Greig, Ted | 0001 | MTC-00022839
Greika, Christan J. | 0001 | MTC-00021563
Grein, John | 0002 | MTC-00033427
Greiner, Ronald W. | 0001 | MTC-00027630
Grell, Mary | 0001 | MTC-00020634
gRELLON, mICHAEL g. | 0001 | MTC-00025283
Grempler, Donald | 0001 | MTC-00024472
Grenell, Steven L. | 0001 | MTC-00013539
Gresham, Arthur | 0001 | MTC-00003214
Gresset, David | 0001 | MTC-00003372
Gretzinger, Wendy G. | 0002 | MTC-00014364
Greulich, Peter E. | 0003 | MTC-00000489
Grey, Dawn | 0001 | MTC-00009990
Grey, Spencer | 0001 | MTC-00010672
Greywitt, Christin | 0001 | MTC-00025151
Gribben, George | 0001 | MTC-00029383
Gribble, Larry | 0001 | MTC-00011930
Grider, Jason | 0001 | MTC-00016167
Gridley, John | 0001 | MTC-00011646
Grier, Ellis | 0001 | MTC-00012433
Griesbach, Bryan | 0001 | MTC-00012079
Griesel, Christopher | 0001 | MTC-00000567
Grieser, Orval | 0002 | MTC-00033238
Griesman, Michael | 0002 | MTC-00029419
Griest, Richard | 0003 | MTC-00028010
Grieve, Edward | 0001 | MTC-00033732
Grieve, Jim | 0001 | MTC-00006802
Griffen, Howard | 0001 | MTC-00028918
Griffen, Richard | 0001 | MTC-00000973
Griffin, Andrew | 0001 | MTC-00020023
Griffin, Bruce | 0001 | MTC-00007511
Griffin, Charles | 0001 | MTC-00021926
Griffin, Charles | 0001 | MTC-00031465
Griffin, Chris | 0001 | MTC-00004378
Griffin, David | 0001 | MTC-00003201
Griffin, Francis | 0001 | MTC-00019367
Griffin, Frank | 0001 | MTC-00005746
Griffin, Jeanne | 0002 | MTC-00028655
Griffin, John | 0001 | MTC-00021139
Griffin, Leslie | 0001 | MTC-00032942
Griffin, Lynn | 0001 | MTC-00019644
Griffin, Mark | 0001 | MTC-00020991
Griffin, Peggy | 0001 | MTC-00021660
Griffin, Susan | 0001 | MTC-00007822
Griffis, Jesse | 0001 | MTC-00015292
Griffis, Marcus | 0001 | MTC-00032716
Griffis, Tom | 0002 | MTC-00009813
Griffith, C. S. | 0001 | MTC-00008089
Griffith, David | 0001 | MTC-00005804
Griffith, John M. | 0001 | MTC-00008663
Griffith, Thomas | 0002 | MTC-00032673
Griffiths, Edward | 0002 | MTC-00032163
Griffiths, K.S. | 0001 | MTC-00021383
Griffon, Karen | 0001 | MTC-00024027
Grigg, Roee | 0001 | MTC-00025775
Grigg, Ted | 0002 | MTC-00002093
Grigor, Gordon | 0001 | MTC-00026659
Grigsby, Todd | 0001 | MTC-00022284
Grill, S. | 0001 | MTC-00013308
Grim, Tony | 0001 | MTC-00022706
Grimes, James T. | 0001 | MTC-00013764
Grimes, Joel | 0001 | MTC-00016724
Grimes, Mark | 0001 | MTC-00018522
Grimes, Matthew | 0001 | MTC-00003176
Grimj1234@ aol.com | 0001 | MTC-00000340
Grimm, Betty | 0001 | MTC-00012201
Grimm, Brian | 0001 | MTC-00008793
Grimm, Brian | 0001 | MTC-00012113
Grimm, Kurt | 0001 | MTC-00009151
Grimm, Ryan | 0003 | MTC-00010194
Grimm, Steven | 0001 | MTC-00018049
Grimsbo, Ben | 0001 | MTC-00002310
Grimsled, Milner | 0001 | MTC-00002287
Grimsley, Kathie | 0002 | MTC-00005289
Grimstad, Al | 0001 | MTC-00015241
Grinaway, Kathy | 0001 | MTC-00031935
Grinaway, Kathy | 0001 | MTC-00031936
Grinbergs, Doug | 0001 | MTC-00027890
Grinhafs, Janis | 0001 | MTC-00024430
Griscti, Jane | 0001 | MTC-00010833
Grisham, Andrew | 0001 | MTC-00032870
Grisham, Andrew F. | 0001 | MTC-00014386
Grisham, Andrew F. | 0001 | MTC-00014389
Grissom, Marlene | 0001 | MTC-00028300
Grist, Graham | 0001 | MTC-00005071
Griswold, Jeremiah | 0001 | MTC-00003727
Griswold, Richard | 0003 | MTC-00019395
Grittings, Jeffrey | 0001 | MTC-00030889
Grizzard, Laurie | 0001 | MTC-00011735
Grizzle, Jan | 0001 | MTC-00025529
Grizzle, John | 0002 | MTC-00004345
Grizzle, John | 0001 | MTC-00013479
Grizzle, Jon | 0004 | MTC-00013999
Grizzle, Jon | 0003 | MTC-00021796
grlatham@ msn.com | 0001 | MTC-00010355
Grm, Daniel | 0001 | MTC-00020053
Grob, Werner | 0001 | MTC-00005873
Grochowski, Joseph G. | 0001 | MTC-00009922
Grockowski, Jason | 0003 | MTC-00026202
Groebe, Larry | 0001 | MTC-00024211
Grogan, Dave | 0001 | MTC-00016649
Groke, Curtis | 0001 | MTC-00003156
Gromet, Gary | 0001 | MTC-00000845
Gromet, Gary | 0001 | MTC-00005618
Gronewald, hal | 0001 | MTC-00005268
Gronke, Benjamin | 0002 | MTC-00032896
Groom, David | 0001 | MTC-00025777
Groom, Joe | 0001 | MTC-00023477
Groombridge, Kenton | 0001 | MTC-00002597
Groover, Joseph D. Jr. | 0001 | MTC-00009097
Groppo, Micah | 0001 | MTC-00020250
Grose, Alan | 0001 | MTC-00008560
Grosinger, Leslie D. | 0001 | MTC-00005958
Gross, Gary | 0001 | MTC-00030905
Gross, Gertrude | 0001 | MTC-00030921
Gross, Kyle | 0001 | MTC-00010926
Grossblatt, | 0001 | MTC-00030192
Grossen, Cynthia | 0001 | MTC-00011332
Grossklas, William | 0001 | MTC-00000873
Grossklas, William | 0001 | MTC-00005512
Grossman | 0001 | MTC-00014270
Grossman, Benjamin | 0001 | MTC-00026276
Grossman, Louis | 0001 | MTC-00006866
Grossman, Louis | 0001 | MTC-00006929
Grossman, Mark | 0001 | MTC-00005178
Grossman, Sherm | 0004 | MTC-00011717
Grossman, Stephen | 0001 | MTC-00009779
Grossmann, M. W. | 0001 | MTC-00015053
Grott, Fred | 0001 | MTC-00010666
Groubert, Steven | 0001 | MTC-00006553
Groundwater, Stephen | 0001 | MTC-00018239
Grove, D. Scott | 0001 | MTC-00017500
Grove, Eileen and Wayne | 0001 | MTC-00006347
Grove, Wayne and Eileen | 0001 | MTC-00011817
Grover, Alan | 0002 | MTC-00016059
Grover, Dale | 0001 | MTC-00022701
Grover, Loraine | 0001 | MTC-00011032
Grover, Subhash | 0001 | MTC-00011505
Groves, Rebecca | 0001 | MTC-00011870
Grow, Carolyn | 0001 | MTC-00005860
Grozdits, Greogry G. | 0002 | MTC-00015908
Grubb, John | 0002 | MTC-00007821
Grubb, MArc | 0001 | MTC-00024463
Grubbs, Pete | 0001 | MTC-00020735
Grube, Michael J. | 0001 | MTC-00002536
Gruber, Aaron | 0001 | MTC-00027468
Gruber, Brad | 0001 | MTC-00025107
Gruber, Janet | 0001 | MTC-00012633
Gruber, Joshua | 0001 | MTC-00016423
Gruber, Theodore and Shelley | 0001 | MTC-00005630
Grude, Nick | 0001 | MTC-00019144
Grue, Merlin | 0001 | MTC-00026725
Gruen, Jim | 0001 | MTC-00015338
Gruetzner, James K. | 0001 | MTC-00027281
Gruickshanks, Graham | 0002 | MTC-00015002
Grumbles, Marcus | 0001 | MTC-00011179
Grummitt, Janet L. | 0001 | MTC-00006987
Grummt, Otto | 0001 | MTC-00026679
Grunloh, Robert | 0001 | MTC-00019087
Gruskin, Sanford | 0001 | MTC-00007330
Gruss, Eric | 0001 | MTC-00032792
grutters@ hotnet.nl | 0001 | MTC-00003159
Gryczan, Kevin | 0001 | MTC-00004481
Gryffydd, A. | 0001 | MTC-00023312
Gryska, Mark | 0001 | MTC-00027653
Grzanich, Will | 0002 | MTC-00017469
Grzy, Cynder | 0001 | MTC-00026621
GSta227586@ aol.com | 0001 | MTC-00011893
Gstier@ aol.com | 0001 | MTC-00006604
gstrange@ carolina.rr.com | 0001 | MTC-00010860
gtech | 0001 | MTC-00007789
gtmc7@ earthlink.net | 0001 | MTC-00014547
Guadagne, Anthony | 0001 | MTC-00007022
Guallar Esteve, Josef | 0002 | MTC-00033332
Guallar, Esteve | 0002 | MTC-00023792
Guarnaci, Craig | 0001 | MTC-00008790
Guarnieri, Donald | 0001 | MTC-00026491
guarraci, Joe | 0001 | MTC-00006716
Guatney, Charles | 0001 | MTC-00011474
Guay, Arthur | 0001 | MTC-00025059
Guay, Arthur | 0001 | MTC-00025164
Gube, William | 0001 | MTC-00020739
Gubitosi, Henry | 0001 | MTC-00030485
Gubul, Pete | 0001 | MTC-00015339
Gucati, Anil (neil) | 0001 | MTC-00001603
Guch, Richard | 0001 | MTC-00031531
Gudhein, Samantha | 0001 | MTC-00030491
Guenard, Bruce | 0001 | MTC-00028496
Guenette, Jacques | 0001 | MTC-00006800
Guenette, Jacques | 0001 | MTC-00027685
Guenin, Xavier | 0001 | MTC-00009235
Guenther, Glen | 0002 | MTC-00021826
Guerin, Justin | 0001 | MTC-00018427
Guerra, Jorge | 0001 | MTC-00020429
Guerra, Martin | 0001 | MTC-00012243
Guerrasio, Andrew | 0001 | MTC-00012338
Guerrico, Lou | 0001 | MTC-00002918
Guertin, Jarod | 0002 | MTC-00013921
Guervara, Carlos | 0002 | MTC-00025840
Gueslick, Ben | 0001 | MTC-00027327
Guest, Charles | 0001 | MTC-00011837
Guest, Charles | 0001 | MTC-00009811
Guest, Theodore | 0002 | MTC-00033138
Gui, Jessica | 0001 | MTC-00014725
Guidos, David | 0001 | MTC-00011959
Guidry, Jason | 0001 | MTC-00019330
Guikey, Stan | 0001 | MTC-00005828
Guildner, Charles W. | 0001 | MTC-00030621
Guildner, Diane | 0001 | MTC-00010854
Guilford, Vernon | 0001 | MTC-00024756
Guillame, Joseph W. | 0001 | MTC-00013381
Guillory, Joseph W. | 0001 | MTC-00005221
Guillory, Michael S. | 0001 | MTC-00011613
guilmette@ yahoo.com | 0001 | MTC-00028719
Guilos, David | 0001 | MTC-00031243
Guiltinan, Helen | 0001 | MTC-00012577
Guimont, Kelly | 0001 | MTC-00016583
Guinane, James | 0001 | MTC-00023746
Guinn, Roy | 0001 | MTC-00023408
Guite, Benjamin | 0001 | MTC-00024225
Guiterras, Daniel | 0002 | MTC-00029746
Guler, Mehmet | 0001 | MTC-00000802
Gullickson, Anita | 0001 | MTC-00030263
Gulnac, Beatrice | 0001 | MTC-00022524
Gulow, Craig | 0001 | MTC-00017745
Gulyas, Steve | 0001 | MTC-00002623
Gumm, Jean | 0001 | MTC-00010236
Gundersen, George | 0001 | MTC-00009035
Gundersen, Tor-Oyvind | 0001 | MTC-00011341
Gundy, N. Herb | 0001 | MTC-00019603
Gunn, James A. | 0001 | MTC-00007586
Gunn, Ron C. | 0001 | MTC-00010170
Gunsallus, Kirk | 0001 | MTC-00004439
Gunter, Art | 0001 | MTC-00022437
Guo, Huey | 0001 | MTC-00006323
Gupta, Piyush | 0001 | MTC-00025495
Gupta, Sudeep | 0001 | MTC-00027260
Gupta, Swapan | 0001 | MTC-00029318
Gupta, Vijay Brian | 0002 | MTC-00017380
Guptill, Gary | 0001 | MTC-00012192
Gurbacki, Penny | 0001 | MTC-00021063
Gurby, Tony | 0001 | MTC-00030396
Gurley, Bill | 0001 | MTC-00003669
Gurmankin | 0003 | MTC-00030374
guru242@ attbi.com | 0001 | MTC-00017242
Gus407@ aol.com | 0001 | MTC-00007639
Guse, Judith | 0001 | MTC-00032941
Gusman, James | 0001 | MTC-00006856
Guss, John | 0001 | MTC-00020871
Gustafson, David | 0001 | MTC-00017764
Gustafson, Eric | 0001 | MTC-00032540
Gustafson, Kathy | 0001 | MTC-00014352
Gustas, Ron | 0001 | MTC-00023437
Gustavus, duane | 0001 | MTC-00015483
Gustine, Justice | 0001 | MTC-00013168
Guthridge, Calvin | 0001 | MTC-00005468
Guthrie, Gordon | 0001 | MTC-00017452
Guthrie, John | 0001 | MTC-00021859
Guthrie, Joseph | 0001 | MTC-00032600
Guthrie, Stuart | 0001 | MTC-00003992
Guthry, Scott | 0001 | MTC-00010973
Gutierrez, Ignnacio | 0001 | MTC-00001446
Gutierrez, Jose | 0002 | MTC-00029742
Gutman, Troy | 0001 | MTC-00020944
Guttman, Uri | 0002 | MTC-00019914
Gutwin, Paul | 0001 | MTC-00016062
Guy, Brendan | 0001 | MTC-00005382
Guy, Charles | 0002 | MTC-00004101
Guy, Kenneth J. | 0001 | MTC-00025192
guy, William A. | 0001 | MTC-00009459
guyc@ concentric.net | 0001 | MTC-00010381
Guym Kimberly | 0001 | MTC-00031449
Guyton, David | 0001 | MTC-00006826
Guzik, Larry | 0001 | MTC-00007084
Guzman, Octavio | 0001 | MTC-00013474
Guzman-Moss, Gregory | 0001 | MTC-00005479
Guzzardi, Vince | 0001 | MTC-00022334
Gwd96@ aol.com | 0001 | MTC-00006575
Gwenzig, Edward W. | 0002 | MTC-00031108
Gwiardowski, James E. | 0001 | MTC-00006033
Gwinn, Ray | 0001 | MTC-00003361
Gwozdz, Tom | 0001 | MTC-00027375
GWS | 0001 | MTC-00010621
Gyde, Mitchell A. | 0001 | MTC-00014416
Gyle, Marianne | 0001 | MTC-00011980
h S | 0001 | MTC-00005720
H&S Hose and Supply | 0001 | MTC-00031158
H, Dick | 0001 | MTC-00008872
H., Dick | 0001 | MTC-00009303
H3H | 0001 | MTC-00007813
Ha, Jake Phuoc Trong | 0001 | MTC-00023742
Haab, Frederick | 0001 | MTC-00015069
Haag, Michael | 0001 | MTC-00005061
haag, Michael | 0001 | MTC-00022558
Haapala, Clay | 0001 | MTC-00026291
Haas, Andrew | 0004 | MTC-00017549
Haas, David | 0001 | MTC-00016317
Haas, George | 0003 | MTC-00030338
Haas, George | 0003 | MTC-00031908
Haas, Neil | 0001 | MTC-00006359
Haas, Rodney | 0001 | MTC-00007630
Haas, Walt | 0001 | MTC-00008456
Habacker, Ron | 0001 | MTC-00001944
Habas, Robert | 0001 | MTC-00028926
Habas, Robert | 0001 | MTC-00028938
Habbel, Debra | 0001 | MTC-00010019
Habenicht, Fred | 0001 | MTC-00032733
Haber, Alice | 0001 | MTC-00032030
Habib, Zohra | 0001 | MTC-00027268
Habicht, John | 0001 | MTC-00033618
Hach, Faraz | 0001 | MTC-00011066
Hach, George | 0002 | MTC-00025672
Hack, Warren | 0002 | MTC-00001168
Hacke, Robert | 0001 | MTC-00010070
Hackenberger, Shirley A. | 0001 | MTC-00026663
Hackett, Bill | 0001 | MTC-00025359
Hackett, Bonnie | 0001 | MTC-00022460
Hackett, Earl | 0001 | MTC-00006081
Hackett, Edward W. | 0001 | MTC-00007857
Hackett, Edward W. | 0001 | MTC-00012085
Haddad, Jonathan | 0001 | MTC-00012926
Haddad, Jonathan | 0001 | MTC-00001469
Haddad, Philip | 0001 | MTC-00025316
Haddan, Ann | 0001 | MTC-00031272
Haddock, Nick | 0002 | MTC-00002615
Hadgell, Joel | 0002 | MTC-00028994
Hadley, Chris | 0001 | MTC-00016558
Hadley, Delores | 0001 | MTC-00023118
Hadley, Duane | 0001 | MTC-00023121
Hadley, Todd | 0001 | MTC-00018051
Hadrick, Richard | 0001 | MTC-00027351
Hadsell, Jerry | 0004 | MTC-00028696
Haefeli, Joseph | 0001 | MTC-00027915
Haertjens, Michael | 0001 | MTC-00014947
Hafemann, dave | 0002 | MTC-00030290
Hafermalz, Eberhand | 0003 | MTC-00032415
Hafermalz, Eberhard | 0003 | MTC-00009260
Haffner, Matt | 0001 | MTC-00018196
Hagaman, Robert | 0002 | MTC-00032445
Hagan, Craig, I. | 0002 | MTC-00019092
Hagan, Mike | 0001 | MTC-00023969
Hagan, N. | 0001 | MTC-00008564
Hagan, N. | 0001 | MTC-00014101
Hagard, Jay | 0001 | MTC-00022273
Hagberg, D. J. | 0002 | MTC-00018394
Hagel, Andrew | 0001 | MTC-00028334
Hageman, Judy | 0001 | MTC-00014445
Hagen, Andrew | 0001 | MTC-00019659
Hagen, Andrew | 0001 | MTC-00020101
Hagen, Bruce | 0001 | MTC-00005134
Hagen, Bruce | 0001 | MTC-00011013
Hagen, Edward | 0001 | MTC-00016604
Hager, Roger | 0001 | MTC-00002395
Hager, Wes | 0001 | MTC-00007002
Hagerman, Alan | 0001 | MTC-00013994
Hagerman, Alan | 0001 | MTC-00007670
Hagerty, Ed | 0001 | MTC-00017513
Hagerty, Genevieve | 0001 | MTC-00013021
Hagerty, George E. | 0001 | MTC-00012813
Haggard, Jay | 0001 | MTC-00022272
Haggerty, Glenn | 0001 | MTC-00031633
Haggerty, Michael | 0001 | MTC-00022098
Hagglund, Jason | 0001 | MTC-00032553
Hagopian, Rob | 0001 | MTC-00015411
Hague, Robert E. | 0001 | MTC-00009279
Hague, Yolanda R. | 0001 | MTC-00014007
Hagy, R.C. | 0002 | MTC-00021559
Hahn, Beth | 0002 | MTC-00004759
Hahn, Beth | 0002 | MTC-00030700
Hahn, James | 0001 | MTC-00029642
Hahn, Ken | 0001 | MTC-00014140
Hahn, Ralph | 0001 | MTC-00008972
Hahn, Robert E. | 0001 | MTC-00025753
Hahn, Thomas | 0001 | MTC-00027892
Hahn, William | 0001 | MTC-00007041
Hahn, William | 0001 | MTC-00026264
Hahn, William R. | 0002 | MTC-00022166
Haidl, Kevin | 0001 | MTC-00020356
Haight, Richard | 0001 | MTC-00005039
Haight, Richard C. | 0001 | MTC-00001555
Haile, Jed | 0002 | MTC-00001887
Haile, Jed | 0002 | MTC-00004494
Hailey, Bob | 0001 | MTC-00031463
Hails, John | 0001 | MTC-00002152
Haines, Raymond | 0001 | MTC-00021244
Hair, Scott | 0001 | MTC-00012437
Haisley, Michael | 0001 | MTC-00004485
Haislip, Charles | 0001 | MTC-00000689
Haji-Sheikh, Mike | 0001 | MTC-00004849
Hakala, Jack | 0001 | MTC-00002385
Hake, Eric | 0001 | MTC-00003274
Hal | 0001 | MTC-00013079
Halay, Renee | 0001 | MTC-00021882
Hald, Ulla | 0001 | MTC-00001948
Haldin, Patricia | 0001 | MTC-00020326
Haldoupis, Niketa and Laura | 0001 | MTC-00026853
Hale, Brad | 0001 | MTC-00022404
Hale, Douglas | 0001 | MTC-00008134
Hale, Edward | 0001 | MTC-00031309
Hale, Evan | 0001 | MTC-00025489
Hale, Gary | 0001 | MTC-00018312
Hale, Harry W. | 0001 | MTC-00003099
Hale, Laerence C. | 0001 | MTC-00012836
Hale, Laura | 0002 | MTC-00015725
Hale, M. | 0001 | MTC-00001327
Hale, Michael | 0001 | MTC-00006311
Hale, Randy | 0001 | MTC-00025018
Haleblian, Albert | 0002 | MTC-00027618
Halegua, Mark | 0002 | MTC-00016156
Haler, Roger | 0001 | MTC-00021836
Hales, Rod and Barbara | 0001 | MTC-00007770
Haley, Bryan | 0002 | MTC-00032313
Haley, John | 0001 | MTC-00020206
Haley, Roseann | 0001 | MTC-00006652
Halfin, George S. | 0001 | MTC-00027123
Halfrop, Roger | 0001 | MTC-00020836
Haliburton, Jim | 0002 | MTC-00004142
Hall, Aaron | 0002 | MTC-00017942
Hall, Adam | 0001 | MTC-00013057
Hall, Annette | 0001 | MTC-00028438
Hall, Annette | 0002 | MTC-00004344
Hall, Ben | 0001 | MTC-00024744
Hall, Bertie | 0001 | MTC-00002019
Hall, Betty | 0001 | MTC-00006726
Hall, Bill | 0001 | MTC-00014302
Hall, Brad | 0001 | MTC-00017483
Hall, Brian | 0001 | MTC-00019343
Hall, Chester | 0001 | MTC-00029207
Hall, Chris | 0001 | MTC-00006953
Hall, Chuck | 0001 | MTC-00009967
Hall, Connie | 0001 | MTC-00024060
Hall, Don | 0001 | MTC-00011698
Hall, Eric | 0001 | MTC-00001322
Hall, G. Keith | 0001 | MTC-00014135
Hall, H. William | 0001 | MTC-00005730
Hall, HArold | 0003 | MTC-00029310
Hall, Howard | 0001 | MTC-00029320
Hall, James | 0001 | MTC-00027007
Hall, James | 0001 | MTC-00029784
Hall, Jan | 0002 | MTC-00032351
Hall, Jim | 0001 | MTC-00010680
Hall, John | 0003 | MTC-00004991
Hall, John | 0001 | MTC-00017145
Hall, John | 0001 | MTC-00005726
Hall, Jon | 0003 | MTC-00004973
Hall, Justin | 0001 | MTC-00015375
Hall, Kevin | 0001 | MTC-00002001
Hall, Kevin D. | 0001 | MTC-00002284
Hall, Larry | 0002 | MTC-00009466
Hall, Logan | 0001 | MTC-00022896
Hall, Mary | 0001 | MTC-00012707
Hall, Mike | 0001 | MTC-00009741
Hall, Morgan | 0002 | MTC-00017352
Hall, Nancy | 0001 | MTC-00032685
Hall, Orlin D. | 0001 | MTC-00007603
Hall, Phil | 0002 | MTC-00009643
Hall, Preston | 0001 | MTC-00004132
Hall, Randy | 0001 | MTC-00013660
Hall, Robin | 0001 | MTC-00025813
Hall, Ronald | 0001 | MTC-00029292
Hall, Samuel | 0001 | MTC-00033040
Hall, Scott | 0001 | MTC-00000424
Hall, William C. | 0001 | MTC-00031433
Halland, Irving W. | 0001 | MTC-00004839
Hallen, Roland | 0001 | MTC-00005077
Haller, Ben | 0001 | MTC-00019423
Hallis, Tom | 0001 | MTC-00005261
Hallmark, Steve | 0002 | MTC-00030110
Hallock, George | 0002 | MTC-00033128
Halloran, Richard S. | 0002 | MTC-00031644
Halloran, Robert | 0004 | MTC-00030675
Hallowell, David | 0002 | MTC-00018231
Hallum, Jr., Frank | 0001 | MTC-00020869
Halmrast, Ted | 0001 | MTC-00000507
Halmrast, Ted | 0001 | MTC-00017516
Halonen, David | 0001 | MTC-00024615
Halpert, Richard | 0002 | MTC-00016910
Halpin, Gary | 0002 | MTC-00032161
Halpin, Ryan | 0001 | MTC-00001932
Halsey, Roger | 0001 | MTC-00018062
Halstead, Patrick | 0001 | MTC-00007168
Halstead, Paul C. | 0001 | MTC-00027214
halsted6@ earthlink.net | 0001 | MTC-00028089
Halton, Howard H. | 0001 | MTC-00010125
Ham, Jennifer | 0001 | MTC-00012494
Hamachek, Donald | 0002 | MTC-00029369
Hamada, Mokhtar | 0001 | MTC-00006469
Hamady, Chris | 0001 | MTC-00001549
Hamady, Christopher | 0001 | MTC-00033807
Hamady, Christopher M. | 0002 | MTC-00014614
Hamaker, Joan | 0001 | MTC-00011585
Haman, Frank | 0001 | MTC-00009966
Hamann, Franz | 0001 | MTC-00003051
Hamann, Jennifer | 0001 | MTC-00032543
Hamannhome@ aol.com | 0001 | MTC-00013597
Hamblin, Mark | 0001 | MTC-00011590
Hamby, Dixon | 0001 | MTC-00000101
Hamby, Rogan | 0002 | MTC-00015359
Hamel, Ren | 0001 | MTC-00001092
Hamelin, Billy | 0001 | MTC-00023095
Hamid, Aaron | 0002 | MTC-00016097
Hamil, Brandon, J. | 0002 | MTC-00031448
Hamilton, Andrew J.S. | 0001 | MTC-00002985
Hamilton, Bruce | 0001 | MTC-00019907
Hamilton, Chris | 0001 | MTC-00016706
Hamilton, Chris | 0001 | MTC-00032990
Hamilton, David | 0001 | MTC-00015214
Hamilton, Dennis E. | 0002 | MTC-00018207
Hamilton, Ed | 0001 | MTC-00005621
Hamilton, Eileen | 0002 | MTC-00018175
Hamilton, Gerald | 0001 | MTC-00006423
Hamilton, Lois | 0001 | MTC-00022780
Hamilton, Randy | 0002 | MTC-00019312
Hamilton, Richard | 0001 | MTC-00002460
Hamilton, Richard | 0001 | MTC-00013614
Hamilton, Robert | 0001 | MTC-00021010
Hamilton, Roy | 0001 | MTC-00023244
Hamilton, Roy | 0001 | MTC-00012203
Hamilton, Sherry | 0001 | MTC-00026362
Hamilton, Steve | 0001 | MTC-00008363
Hamilton, Tom | 0001 | MTC-00026363
Hamilton, Will | 0001 | MTC-00015225
Hamilton, Wilson | 0001 | MTC-00008832
Hamkins, Jon | 0001 | MTC-00018439
Hamlet, John | 0001 | MTC-00004877
Hamlin Walker, Catherine | 0001 | MTC-00030167
Hamlin, Brian | 0001 | MTC-00001115
Hamlin, Brian M. | 0001 | MTC-00014645
Hamlin, Linda Jo | 0001 | MTC-00028760
Hamlow, Jonathan | 0002 | MTC-00016739
Hamlow, Jonathan M. | 0002 | MTC-00004100
Hamm, David | 0001 | MTC-00005160
Hamm, Paul | 0001 | MTC-00021489
Hammack, Thomas E. | 0001 | MTC-00000308
Hammar, Magnus | 0001 | MTC-00008701
Hammargen, Craig | 0002 | MTC-00033490
Hammel, William C. | 0002 | MTC-00003116
Hammell, Thomas | 0001 | MTC-00018914
Hammer, Fred | 0001 | MTC-00021611
Hammer, Larry | 0001 | MTC-00023624
Hammer, Mark | 0002 | MTC-00017637
Hammerle, Paul | 0001 | MTC-00002294
Hammerslag, Jake | 0001 | MTC-00005825
Hammett, Wayne | 0002 | MTC-00002009
Hammill, Adam S. | 0001 | MTC-00028356
Hammill, Joyce and John | 0001 | MTC-00028402
Hammock, Curtiss | 0001 | MTC-00020813
Hammond, Chris | 0001 | MTC-00002754
Hammond, Dave | 0001 | MTC-00032810
Hammond, Ed | 0001 | MTC-00025826
Hammond, Greg | 0001 | MTC-00001523
Hammond, James | 0001 | MTC-00015787
Hammond, Martha and Edward | 0001 | MTC-00007231
Hammond, Matt | 0002 | MTC-00020365
Hammond, Nancy | 0001 | MTC-00011152
Hammond, Rob and Shirley | 0001 | MTC-00032900
Hammonds, Jerome | 0001 | MTC-00000543
Hamon, Blain | 0002 | MTC-00009442
Hample, Dale | 0002 | MTC-00025223
hampreal@ lanset.com | 0001 | MTC-00009450
Hampton, Bob | 0001 | MTC-00000753
Hampton, Martin | 0001 | MTC-00021369
Hampton, Mike | 0001 | MTC-00021844
Hampton, Roberta | 0001 | MTC-00022964
Hamzeh, Kary | 0001 | MTC-00027418
Hamzeh, Kony | 0001 | MTC-00033530
Han, Andrew | 0001 | MTC-00025512
Han, Bert | 0001 | MTC-00019067
Han, Xve - Ling | 0001 | MTC-00005939
Hanaleisrt@ aol.com | 0001 | MTC-00008723
Hanamoto, Jean | 0001 | MTC-00026716
Hanckey, Randy | 0001 | MTC-00008466
Hancock, Robert | 0002 | MTC-00002326
Hancock, Robert | 0001 | MTC-00002329
Hancock, Robert | 0001 | MTC-00002332
Hancock, Theresa | 0001 | MTC-00007814
Hand, James | 0002 | MTC-00033068
Handley, Ellie | 0001 | MTC-00020520
Handman, Robert | 0001 | MTC-00031608
Handy, Bob | 0002 | MTC-00030544
Handy, Dale | 0001 | MTC-00016311
Handy, Greg | 0002 | MTC-00000563
Handy, Lynn | 0001 | MTC-00009692
Handy, Redmond | 0002 | MTC-00026914
Handy, Susan | 0001 | MTC-00029417
Hanegan, Joan | 0001 | MTC-00000295
Haner, Milton and Judith | 0002 | MTC-00031625
Haner, Milton and Judy | 0002 | MTC-00019458
Haney, George | 0001 | MTC-00012733
Haney, Paul | 0001 | MTC-00013483
Hanford, B. | 0001 | MTC-00009057
Hanford, Gordon and Diane | 0002 | MTC-00031291
Hankamp, Thomas J. | 0001 | MTC-00027149
Hanke, David | 0001 | MTC-00027299
Hanke, Jim | 0002 | MTC-00006339
Hankel, Rod | 0001 | MTC-00001271
Hankerson, John | 0001 | MTC-00007790
Hankins, Phillip | 0001 | MTC-00019668
Hanks, Clyde | 0001 | MTC-00012629
Hanks, Darrel | 0001 | MTC-00024086
Hanks, Francie | 0001 | MTC-00011676
Hanley, Dave | 0001 | MTC-00021995
Hanley, Doug | 0001 | MTC-00001227
Hanley, John | 0001 | MTC-00024209
Hanlon, Joseph | 0001 | MTC-00030713
Hanlon, Steven | 0001 | MTC-00023748
Hann, Lenn | 0001 | MTC-00025439
Hanna, Cris | 0001 | MTC-00000023
Hanna, Jeff | 0001 | MTC-00020874
Hannah, Bob | 0001 | MTC-00009215
Hannah, Cheryl | 0001 | MTC-00020213
Hannah, Elbert | 0002 | MTC-00011163
Hannan, John J. | 0001 | MTC-00026479
Hanneken, Catherine | 0001 | MTC-00026532
Hannig, Charles M. | 0001 | MTC-00031401
Hannon, Benjamin | 0001 | MTC-00019214
Hannum, Daniel J. | 0001 | MTC-00019689
Hannum, Dion G. | 0001 | MTC-00005080
Hannum, Ted | 0001 | MTC-00012694
Hanrahan, Robert P. | 0001 | MTC-00012267
Hanry, Thomas | 0001 | MTC-00021530
Hans, Maria | 0001 | MTC-00010571
Hans, Peter | 0001 | MTC-00031464
Hansan, David | 0001 | MTC-00023803
Hansan, P.B. | 0001 | MTC-00005574
Hansard, Will | 0001 | MTC-00019893
Hanscom, Richard L. | 0001 | MTC-00006647
Hanse, Richard | 0001 | MTC-00030955
Hansell, Carol | 0001 | MTC-00027864
Hansen, Alan | 0001 | MTC-00010599
Hansen, Alan H. | 0001 | MTC-00011240
Hansen, Alan L. | 0001 | MTC-00014115
Hansen, Barb | 0001 | MTC-00013076
Hansen, Brian | 0001 | MTC-00001699
Hansen, Brian J. | 0001 | MTC-00019148
Hansen, Chris | 0001 | MTC-00019930
Hansen, Cindy | 0001 | MTC-00008630
Hansen, Gary | 0001 | MTC-00032979
Hansen, George | 0002 | MTC-00033080
Hansen, Jack | 0001 | MTC-00032736
Hansen, Jack | 0001 | MTC-00011680
Hansen, Javeed | 0001 | MTC-00021103
Hansen, Joel | 0001 | MTC-00005375
Hansen, Joseph J. | 0001 | MTC-00023696
Hansen, Joshua | 0002 | MTC-00004891
Hansen, Leo | 0001 | MTC-00011912
Hansen, Logan | 0002 | MTC-00017572
Hansen, Nels | 0001 | MTC-00027362
Hansen, Niki | 0001 | MTC-00023213
Hansen, R | 0001 | MTC-00009601
Hansen, Randall | 0001 | MTC-00016694
Hansen, Richard | 0001 | MTC-00023024
Hansen, Richard | 0001 | MTC-00023759
Hansen, Rick | 0002 | MTC-00032032
Hansen, Rick | 0001 | MTC-00002849
Hansen, Steve | 0002 | MTC-00004170
Hansen, Susan M. | 0001 | MTC-00026665
Hansen, Woody | 0002 | MTC-00002087
Hanser, Ron | 0001 | MTC-00030591
Hansford, Larry | 0001 | MTC-00002823
Hanshan, Karen | 0001 | MTC-00024808
Hanshaw | 0001 | MTC-00029910
Hanson, Allan | 0002 | MTC-00033098
Hanson, Amy | 0001 | MTC-00011727
Hanson, Bethany | 0001 | MTC-00029068
Hanson, Bob | 0001 | MTC-00011390
Hanson, Brian | 0001 | MTC-00000303
Hanson, Bruce | 0001 | MTC-00004168
Hanson, Carl | 0001 | MTC-00005935
Hanson, Chris | 0002 | MTC-00027658
Hanson, Chris | 0001 | MTC-00027661
Hanson, Chris | 0001 | MTC-00017980
Hanson, Dolores | 0001 | MTC-00028860
Hanson, Erik | 0001 | MTC-00033066
Hanson, Garry | 0001 | MTC-00002345
Hanson, Georgia | 0001 | MTC-00033722
Hanson, Greg | 0001 | MTC-00016818
Hanson, Judith | 0001 | MTC-00003219
Hanson, Karl | 0001 | MTC-00012156
Hanson, Pamela & Robert | 0001 | MTC-00013051
Hanson, Peter | 0001 | MTC-00004558
Hanson, Peter | 0001 | MTC-00007050
Hanson, Peter S. | 0001 | MTC-00023495
Hanson, Phil | 0001 | MTC-00030073
Hanson, Todd | 0001 | MTC-00015803
Haparanater, Dean W. | 0001 | MTC-00000729
Hapeshis, Louis | 0001 | MTC-00007191
Haradon, Zeb | 0001 | MTC-00014805
Haraldson, Jonas | 0001 | MTC-00001966
harbarridg1@ msn.com | 0001 | MTC-00021401
Harbert, Joe | 0001 | MTC-00019132
Harbour, Elaine | 0001 | MTC-00022587
Harbour, Elaine | 0001 | MTC-00022602
Harbour, Sean | 0001 | MTC-00003362
Harby, J. | 0001 | MTC-00007584
Harclerode, Robert | 0001 | MTC-00029824
Harcourt, Ray | 0001 | MTC-00007778
Hardage, Samuel A. | 0002 | MTC-00031622
Harden | 0001 | MTC-00002100
Harden, Eric | 0001 | MTC-00029176
Harden, Patrick | 0001 | MTC-00007354
Hardenbergh, Jan C. | 0001 | MTC-00019335
Harder, R. Rusty | 0002 | MTC-00031345
Hardesty, George R. | 0001 | MTC-00006298
Hardesty, Ron | 0002 | MTC-00029543
Hardin, John | 0003 | MTC-00004270
Hardin, John | 0002 | MTC-00030677
Harding, Bob | 0001 | MTC-00013430
Harding, Ian A. | 0001 | MTC-00004090
Harding, John | 0001 | MTC-00032707
Harding, John | 0001 | MTC-00032985
Harding, Nathaniel | 0001 | MTC-00010897
Harding, Russell | 0001 | MTC-00024582
Hardisan, Dien | 0001 | MTC-00013775
Hardison, Harold | 0002 | MTC-00033214
Hardman, Dennis | 0001 | MTC-00005699
Hardman, Nancy | 0001 | MTC-00030449
Hardwick, John | 0001 | MTC-00017743
Hardwicke, William A. | 0001 | MTC-00006066
Hardy, bob | 0001 | MTC-00017345
Hardy, Clark | 0001 | MTC-00012535
Hardy, E. Jonathan | 0001 | MTC-00004234
Hare, John | 0001 | MTC-00002865
Harerland, Gordon | 0001 | MTC-00026063
Harey, Ken | 0001 | MTC-00029576
Harger, Henry | 0002 | MTC-00033160
Hargis, David and Joanna | 0001 | MTC-00032645
Hargraves, Dirck | 0012 | MTC-00028893
Hargreaves, Eddie | 0001 | MTC-00001231
Harich, Alan B. | 0002 | MTC-00016297
Haridim, Paul | 0001 | MTC-00023863
Harif, Shlomi | 0001 | MTC-00005054
Harikian, Don | 0002 | MTC-00005927
Haring, Dick | 0001 | MTC-00009456
Hariuns, Jeanne | 0001 | MTC-00008371
Harkess, Devek | 0001 | MTC-00022874
Harkey, Lloyd | 0001 | MTC-00023872
Harkey, Tom | 0002 | MTC-00028501
Harkins, John | 0001 | MTC-00019872
Harkness, Bob | 0001 | MTC-00009071
Harkness, Howard Lee | 0001 | MTC-00015560
Harkoner, Slick | 0003 | MTC-00003745
Harland, John | 0001 | MTC-00031085
Harler, Bob | 0002 | MTC-00010587
Harleson, Peter J. | 0001 | MTC-00017015
Harley, Joshua P. | 0001 | MTC-00015161
Harley, Robert B. | 0002 | MTC-00031212
Harley, Steve | 0001 | MTC-00001926
Harlick, John | 0001 | MTC-00032508
Harman Jr., Norman J. | 0009 | MTC-00022721
Harman, Ed | 0002 | MTC-00009808
Harman, Tony | 0001 | MTC-00002853
Harmatz, Gary | 0001 | MTC-00007315
harmazd@ castellan.net | 0001 | MTC-00021417
Harmening, Mary | 0001 | MTC-00005709
Harmon, Chris | 0001 | MTC-00017001
Harmon, Dale | 0002 | MTC-00021023
Harmon, Joshua | 0001 | MTC-00012310
Harms, Reed | 0001 | MTC-00022351
Harmuth, Frank | 0001 | MTC-00012119
Harnaman, John and JoAnn | 0001 | MTC-00030123
Harned, Robert | 0001 | MTC-00032606
Harness, Joyce | 0001 | MTC-00005926
Harness, Joyce | 0001 | MTC-00000640
Harness, Joyce | 0001 | MTC-00011486
Harness, Toby | 0001 | MTC-00018887
Harnett, Geoffrey | 0003 | MTC-00015061
Harold, David | 0001 | MTC-00012180
Harold, Richard and Phyllis | 0001 | MTC-00009337
haroldm@ netonecom.net | 0001 | MTC-00015984
Harpaz, Alon | 0001 | MTC-00017531
Harpen, Walter | 0001 | MTC-00015956
Harper, Bob | 0001 | MTC-00008341
Harper, Dan | 0001 | MTC-00026731
Harper, David | 0001 | MTC-00019300
Harper, Donald | 0001 | MTC-00016338
Harper, Douglas | 0001 | MTC-00008943
Harper, Douglas | 0001 | MTC-00030629
Harper, Earl G. | 0001 | MTC-00027975
Harper, Frank | 0001 | MTC-00003790
Harper, Logan | 0001 | MTC-00004542
Harper, Michael | 0001 | MTC-00029483
Harper, Robin | 0001 | MTC-00020237
Harper, Tim | 0001 | MTC-00026700
Harper, Tim | 0001 | MTC-00026698
harperj@ att.net | 0001 | MTC-00006256
Harpold, Lisa | 0001 | MTC-00013843
Harpster, Ron and Mary Ellen | 0001 | MTC-00027040
Harr, David S. | 0001 | MTC-00018223
Harr, Jim | 0001 | MTC-00009551
Harre, Sean | 0001 | MTC-00018934
Harrell, Betty | 0001 | MTC-00026051
Harrell, Brad | 0001 | MTC-00027500
Harrell, Robert W. Jr. | 0002 | MTC-00031408
Harrell, Todd | 0003 | MTC-00027251
Harrell, Wesley | 0001 | MTC-00010293
Harrelson, Terry | 0001 | MTC-00031477
Harrie-Bick, Tony | 0001 | MTC-00003474
Harrigan, Calvin | 0001 | MTC-00022599
Harrill, Jim | 0001 | MTC-00012638
Harrington, Clayton | 0001 | MTC-00006243
Harrington, Clayton | 0001 | MTC-00011958
Harrington, Daniel | 0001 | MTC-00019151
Harrington, Demetri | 0001 | MTC-00026057
Harrington, Edward | 0001 | MTC-00014486
Harrington, Michael | 0001 | MTC-00012024
Harrington, Michael O. | 0002 | MTC-00033696
Harrington, Mike | 0001 | MTC-00000361
Harris, Andrew | 0001 | MTC-00001924
Harris, Bob | 0001 | MTC-00018229
Harris, Bob | 0001 | MTC-00013925
Harris, Burty | 0002 | MTC-00028293
Harris, C. W. | 0001 | MTC-00018537
Harris, charles | 0002 | MTC-00031066
Harris, David | 0001 | MTC-00015626
Harris, Diahann | 0001 | MTC-00021641
Harris, Dodd IV | 0001 | MTC-00024802
Harris, Gene | 0001 | MTC-00000356
Harris, George | 0001 | MTC-00006115
Harris, Gerald | 0002 | MTC-00014933
Harris, Grace | 0001 | MTC-00009687
Harris, Hall | 0001 | MTC-00032893
Harris, Harlas M. | 0001 | MTC-00007529
Harris, J. C. | 0001 | MTC-00031806
Harris, Jed | 0001 | MTC-00016275
Harris, Jeffrey | 0016 | MTC-00027387
Harris, Jerry | 0001 | MTC-00007783
Harris, Jessica E. | 0001 | MTC-00007605
Harris, Joel | 0001 | MTC-00000831
Harris, John | 0001 | MTC-00000723
Harris, John | 0001 | MTC-00019793
Harris, John | 0001 | MTC-00007012
Harris, Jonathan | 0001 | MTC-00032658
Harris, Katherine | 0001 | MTC-00031493
Harris, Ken | 0001 | MTC-00012442
Harris, Ken | 0001 | MTC-00023681
Harris, Marilyn | 0001 | MTC-00027676
Harris, Noel | 0001 | MTC-00013656
Harris, Noel | 0001 | MTC-00025915
Harris, Noel | 0002 | MTC-00009558
Harris, Oliver | 0001 | MTC-00028662
Harris, Rick | 0001 | MTC-00020466
Harris, Robin | 0001 | MTC-00033801
Harris, Ronnie | 0001 | MTC-00008354
Harris, Roscoe | 0001 | MTC-00016685
Harris, Ruth | 0001 | MTC-00010552
Harris, Ruth | 0001 | MTC-00002210
Harris, Scott | 0001 | MTC-00018128
Harris, Trent | 0002 | MTC-00002353
Harris, Walt | 0001 | MTC-00002819
Harris, Wes | 0001 | MTC-00005847
Harris, Wylie | 0001 | MTC-00026784
Harrison, Arlene F. | 0001 | MTC-00014381
Harrison, Brad | 0001 | MTC-00020125
Harrison, Christopher F. | 0001 | MTC-00011205
Harrison, Edward | 0001 | MTC-00014472
Harrison, James Morgan | 0002 | MTC-00018311
Harrison, Jason S. | 0001 | MTC-00010866
Harrison, Jeffrey | 0001 | MTC-00026345
Harrison, Jeffrey P. | 0002 | MTC-00010325
Harrison, Joseph | 0001 | MTC-00005637
Harrison, Ken | 0001 | MTC-00004365
Harrison, Marsha | 0001 | MTC-00020527
Harrison, Marshall C. | 0001 | MTC-00031048
Harrison, Michael | 0002 | MTC-00003451
Harrison, Nancy | 0001 | MTC-00000857
Harrison, Paul | 0001 | MTC-00021964
Harrison, Robert W. | 0001 | MTC-00004064
Harrison, Sam | 0001 | MTC-00017141
Harrison, Scott | 0002 | MTC-00001508
Harrison, Scott | 0002 | MTC-00006204
harrisr@ kochind.com | 0001 | MTC-00021436
Harriss, Henry | 0001 | MTC-00007948
Harriss, Richard | 0001 | MTC-00002724
Harrocks, David | 0001 | MTC-00025522
Harrod, Andrew | 0001 | MTC-00010547
Harrold, M. Bradley | 0001 | MTC-00030213
Harrold, Mike | 0002 | MTC-00027130
Harry | 0001 | MTC-00003541
harry—sharp@ msn.com | 0001 | MTC-00028211
Harsell, Ben | 0001 | MTC-00015937
Harszlak, Michael | 0001 | MTC-00015718
Hart, Clyde | 0001 | MTC-00012436
Hart, Delbert | 0001 | MTC-00027426
Hart, Ed | 0001 | MTC-00010075
Hart, J.C. | 0001 | MTC-00011755
Hart, Janet | 0001 | MTC-00012425
Hart, Joe | 0001 | MTC-00010983
Hart, Jon | 0001 | MTC-00018696
Hart, Joseph | 0001 | MTC-00008030
Hart, Julia | 0001 | MTC-00022096
Hart, Lin | 0002 | MTC-00000954
Hart, Richard | 0002 | MTC-00023749
Hart, William James | 0001 | MTC-00025508
Hartaeady, Jim | 0001 | MTC-00032083
Harten, Arthur F. | 0001 | MTC-00029701
Hartenian, Erik | 0001 | MTC-00018617
Harter, George | 0001 | MTC-00031800
Harter, Tod | 0002 | MTC-00017209
Hartgers, Sid | 0001 | MTC-00023378
Hartig, Gerald | 0001 | MTC-00019951
Hartin, Brad | 0001 | MTC-00003368
Hartle, Lane | 0001 | MTC-00025868
Hartlet, Mark | 0001 | MTC-00010405
Hartley Jr., James M. | 0001 | MTC-00015441
Hartley, Chad | 0001 | MTC-00001735
Hartley, Jason | 0002 | MTC-00005033
Hartley, John S. | 0002 | MTC-00008478
Hartley, John S. | 0002 | MTC-00025110
Hartley, Jonathan | 0001 | MTC-00017627
Hartley, Jonathan | 0001 | MTC-00031934
Hartley, Joohn | 0001 | MTC-00025143
Hartley, randy | 0001 | MTC-00010717
Hartley, Robert | 0001 | MTC-00017491
Hartline, Frederick | 0002 | MTC-00023629
Hartman, Ethan | 0001 | MTC-00016370
Hartman, Lewis | 0001 | MTC-00027612
Hartman, Michael | 0001 | MTC-00003288
Hartman, Ray | 0001 | MTC-00000405
Hartman, Thomas R. | 0001 | MTC-00014585
Hartmann, George J. | 0001 | MTC-00011329
Hartmann, Joe | 0001 | MTC-00026152
Hartmeyer, Mike | 0001 | MTC-00031517
Hartneady, Jim | 0001 | MTC-00001205
Hartneady, Jim | 0001 | MTC-00013460
Hartogensis, George | 0001 | MTC-00021501
Harton, Zane | 0001 | MTC-00024402
Hartsell, Robert | 0001 | MTC-00012239
Hartshorn | 0001 | MTC-00016944
Hartsook, Ruth | 0001 | MTC-00007277
Hartwell, Jon | 0001 | MTC-00015056
Hartwell, Mark | 0001 | MTC-00023847
Hartwick, Betty R. | 0001 | MTC-00025023
Hartwig, Ernest | 0001 | MTC-00032734
Hartwig, Peter | 0002 | MTC-00014287
Hartz, Gerald | 0001 | MTC-00008076
Hartzell, Barton | 0001 | MTC-00021413
Hartzell, Barton L. | 0001 | MTC-00011598
Hartzell, Bruce | 0001 | MTC-00002731
Hartzell, Ward | 0001 | MTC-00021673
Hartzler, James | 0001 | MTC-00016721
Hartzler, Peter | 0001 | MTC-00014962
Harvey, Billy | 0001 | MTC-00015535
Harvey, Brandon | 0001 | MTC-00024890
Harvey, Harold A | 0001 | MTC-00029409
Harvey, James | 0002 | MTC-00030849
Harvey, James N. | 0001 | MTC-00032039
Harvey, Jeff | 0003 | MTC-00020806
Harvey, Jeff | 0003 | MTC-00020748
Harvey, Joseph | 0001 | MTC-00030030
Harvey, Mary T. | 0001 | MTC-00026554
Harvey, Tobe | 0001 | MTC-00013462
Harvey, Van | 0001 | MTC-00026825
Harwood, Tom | 0002 | MTC-00004780
Hasan, David A. | 0001 | MTC-00032101
Hasan, Richard | 0001 | MTC-00019924
Hasenbein, George | 0001 | MTC-00012677
Hasenbein, George | 0001 | MTC-00020617
Hasenbein, George | 0001 | MTC-00009492
Hasenjager, Mark | 0001 | MTC-00014154
Haserodt, Martha | 0001 | MTC-00023154
Hash, Dale | 0001 | MTC-00032790
Hashimoto, Kengo | 0003 | MTC-00004541
Haskell, John | 0001 | MTC-00030824
Haskell, Sterling | 0001 | MTC-00033026
Haskins, Jonathan | 0001 | MTC-00016007
Haskins, Tammy | 0001 | MTC-00022710
Haslam, Neal | 0001 | MTC-00023610
Haslan, David | 0002 | MTC-00031596
Hasman, Glenn | 0002 | MTC-00029694
Hass, Jeffrey | 0001 | MTC-00002876
Hass, Craig | 0001 | MTC-00029516
Hass, Glen | 0001 | MTC-00029518
Hass, Janet M. | 0001 | MTC-00029521
Hassan, Jim | 0001 | MTC-00009015
Hasse, Dolores | 0001 | MTC-00032867
Hasse, Michael | 0001 | MTC-00016748
Hasselbacher, Kyle | 0001 | MTC-00016976
Hasselberg, James | 0001 | MTC-00019267
Hasselius, Chud | 0001 | MTC-00026114
Hasselman, Terri | 0001 | MTC-00029646
Hasselman, Terri | 0001 | MTC-00031882
Hassenstein, Peter | 0001 | MTC-00022950
Hassinger, Jim | 0002 | MTC-00001538
Hassinger, Jim | 0001 | MTC-00024838
Hassinger, Sebastian | 0001 | MTC-00015302
Hassinger, William | 0001 | MTC-00019446
Hassler, Jeff | 0001 | MTC-00000336
Hastings, Barbara | 0001 | MTC-00025428
Hastings, Robert J. | 0001 | MTC-00001017
Hasty, Doyle & Linda | 0001 | MTC-00001601
Hatami, Ali | 0001 | MTC-00007798
Hatch, Barbara | 0001 | MTC-00009510
Hatch, Charles | 0001 | MTC-00030786
Hatch, John | 0002 | MTC-00032329
Hatch, Joshua | 0001 | MTC-00020765
Hatcher, Clarence | 0001 | MTC-00009672
Hatcher, Kelly | 0001 | MTC-00016075
Hatchl, Sidney | 0001 | MTC-00019961
Hatfield Chamber of Commerce | 0001 | MTC-00028711
Hatfield, Jeff | 0002 | MTC-00008184
Hathaway, Richard | 0001 | MTC-00012297
Hathaway, Richard | 0002 | MTC-00033604
Hathcock, Colin | 0001 | MTC-00032740
Hatle, Andy | 0001 | MTC-00012252
Hatle, Andy | 0001 | MTC-00008681
Hatler, Brant | 0001 | MTC-00030946
Hatley, William | 0001 | MTC-00030190
Hatlwotubbs@ aol.com | 0001 | MTC-00006602
Hattendorf, Robert | 0001 | MTC-00020298
Hattenhauer, Bill | 0001 | MTC-00027540
Hattersley, Josh | 0001 | MTC-00002389
Hattessl20@ aol.com | 0001 | MTC-00009728
Hatton, Alexander | 0001 | MTC-00015563
Hatton, Rob | 0001 | MTC-00021128
Hatton, Robert | 0001 | MTC-00016962
Hattorp, Lorin | 0001 | MTC-00019617
Hauan, Michael J. | 0001 | MTC-00003630
Hauan, Michael, J. | 0001 | MTC-00019086
Haubein, Ted | 0002 | MTC-00013318
Haubrich, Paul | 0001 | MTC-00030911
Hauck, Daniel | 0002 | MTC-00015521
Hauck, Thomas and Marybeth | 0001 | MTC-00032578
Hauck, Wally | 0001 | MTC-00030936
Haucke, Mike | 0001 | MTC-00007068
Hauckes, Bill and Ann | 0001 | MTC-00010086
Hauer, David | 0002 | MTC-00025632
Hauf, James G. | 0001 | MTC-00011235
Hauffe, Konard | 0001 | MTC-00033720
Hauffe, Konard O. | 0010 | MTC-00030846
Haug, Dagny | 0001 | MTC-00016481
Haug, Dagny | 0001 | MTC-00033831
Haug, Donald R. | 0001 | MTC-00007400
Haug, Jack | 0001 | MTC-00006175
Haug, Patricia | 0001 | MTC-00013024
Haugen, Barbara | 0001 | MTC-00014807
Haugen, Richard | 0002 | MTC-00032443
Haugen, Richard | 0002 | MTC-00033103
Haugh, J. | 0001 | MTC-00026145
Haughton, Jim | 0001 | MTC-00026106
Hauls, John | 0002 | MTC-00001660
Hauman, Glenn | 0001 | MTC-00024057
Haun, Daniel | 0001 | MTC-00026958
Hauptman, Bryce | 0001 | MTC-00015347
Haus, Robert J. | 0002 | MTC-00029962
Hauser, Edna | 0001 | MTC-00025635
Hauser, Rod | 0001 | MTC-00024579
Hausman, Gunther | 0001 | MTC-00030618
Hausman, Robert | 0001 | MTC-00005420
Hauswirth, Sudi Bloom and Dennis | 0001 | MTC-00008573
Have, Dave | 0001 | MTC-00025040
Haven, Cynthia | 0002 | MTC-00028988
Haven, Richard | 0001 | MTC-00004805
Haver, Robert | 0001 | MTC-00020468
Haver, Shirley | 0001 | MTC-00020476
Haverkamp, Brenda | 0001 | MTC-00023113
Haverstock, Dave and Nancy | 0001 | MTC-00007485
Haviland, Thomas | 0001 | MTC-00004513
Havin, Victor L. | 0002 | MTC-00025272
Havlicek, Mark | 0001 | MTC-00030867
Havlicek, Mark Alan | 0001 | MTC-00030860
Hawe, Bill | 0001 | MTC-00018789
Hawes, Marcia S. | 0003 | MTC-00020974
Hawk Eye | 0001 | MTC-00010326
Hawke, Anthony | 0001 | MTC-00020017
Hawkes, John | 0004 | MTC-00017116
Hawkes, Melissa | 0001 | MTC-00032782
Hawkins, Alwin | 0001 | MTC-00017650
Hawkins, Bradley | 0001 | MTC-00015799
Hawkins, Dale | 0001 | MTC-00016560
Hawkins, Duane | 0002 | MTC-00011452
Hawkins, Forrest | 0001 | MTC-00005377
Hawkins, Gordon C. | 0002 | MTC-00001566
Hawkins, Paul | 0001 | MTC-00027757
Hawkins, Richard | 0001 | MTC-00017090
Hawkins, Stephen | 0001 | MTC-00002983
Hawkins, Wendy | 0001 | MTC-00027949
Hawks, Brad | 0001 | MTC-00001509
Hawksworth, Jae | 0002 | MTC-00032214
Hawley, Addison | 0001 | MTC-00007143
Hawley, Darin | 0001 | MTC-00019754
Hawley, Glen | 0001 | MTC-00013715
Hawley, James | 0001 | MTC-00006366
Hawley@ aol.com | 0001 | MTC-00005562
Hawn, John | 0001 | MTC-00025980
Haworth, David | 0001 | MTC-00002712
Haworth, Howard | 0001 | MTC-00006337
Hawthorne | 0001 | MTC-00019661
Hawthorne, Candace | 0002 | MTC-00007647
Hawthorne, Candance | 0001 | MTC-00027771
Hay, Bill | 0002 | MTC-00016523
Hayama, Akito | 0001 | MTC-00022748
Hayama, Akito | 0001 | MTC-00022751
Hayas, Jeff | 0001 | MTC-00027896
Hayashi, Doug | 0001 | MTC-00007609
Hayashi, Funitoka | 0001 | MTC-00015542
Hayashi, Takaaki | 0001 | MTC-00031205
Hayashi, Takaaki | 0001 | MTC-00011351
Hayden, Arnold | 0001 | MTC-00015634
Hayden, Brian | 0002 | MTC-00000486
Hayden, Larry | 0001 | MTC-00025492
Hayes, Brad | 0001 | MTC-00003227
Hayes, Brian | 0001 | MTC-00014201
Hayes, Dallas | 0001 | MTC-00020455
Hayes, Dave | 0001 | MTC-00016603
Hayes, David | 0001 | MTC-00031853
Hayes, Dennis | 0001 | MTC-00018638
Hayes, Ed | 0001 | MTC-00001324
Hayes, Gerda | 0002 | MTC-00013686
Hayes, Johnny L. | 0001 | MTC-00026522
Hayes, Maggie | 0002 | MTC-00029308
Hayes, Mark | 0001 | MTC-00001358
Hayes, Patrick | 0002 | MTC-00022435
Hayes, Paul | 0001 | MTC-00024718
Hayes, Peggy | 0001 | MTC-00031676
Hayes, Tom | 0002 | MTC-00028436
Hayes, William | 0001 | MTC-00020451
Hayes, William C. | 0001 | MTC-00007800
hayho | 0001 | MTC-00012120
Hayhurst, Richard | 0001 | MTC-00002569
Hayhurst, Steve | 0001 | MTC-00000321
Hayman, Stuart | 0001 | MTC-00007080
Haynes, Daniel | 0001 | MTC-00012473
Haynes, Joe | 0001 | MTC-00023230
Haynes, Joe | 0001 | MTC-00032747
Haynes, Kristen | 0001 | MTC-00031423
Haynes, Michelle | 0002 | MTC-00010502
Haynes, Raymond | 0001 | MTC-00031238
Haynes, Stephen | 0001 | MTC-00020567
Haynes, Tyler | 0001 | MTC-00032725
Hays, Benjamin | 0002 | MTC-00026917
Hays, Bobby | 0001 | MTC-00020667
Hays, Bobby | 0001 | MTC-00001797
Hays, Curt | 0001 | MTC-00013110
Hays, Eric | 0001 | MTC-00016147
Hays, Gary | 0001 | MTC-00020747
Hays, Gary N. | 0001 | MTC-00009502
Hays, Mary Lou | 0001 | MTC-00030953
Hays, Thomas | 0001 | MTC-00016181
Hays, Tim | 0001 | MTC-00012876
Hayslette, Stephen C. | 0001 | MTC-00017727
Hayslip, Craig | 0001 | MTC-00019105
Hayward, Brian | 0001 | MTC-00014977
Hayward, Julie | 0001 | MTC-00031184
Haywood, Carl | 0002 | MTC-00032441
Hayworth, Richard | 0001 | MTC-00012596
Hazelton, Anne | 0001 | MTC-00007708
Hazelton, Hans | 0001 | MTC-00024339
Hazen, James A. and Leona C. | 0001 | MTC-00006046
HC62545 | 0001 | MTC-00023459
hd74amf2 | 0001 | MTC-00011652
hdevore | 0001 | MTC-00021399
HDubrow@ aol.com | 0001 | MTC-00006625
He, Hao | 0001 | MTC-00011050
Head, Rita R. | 0001 | MTC-00022038
Headley, Brian W. | 0002 | MTC-00009794
Headley, Ryan | 0002 | MTC-00015514
Heald, Frederick | 0001 | MTC-00019958
Healey, Martin L. | 0001 | MTC-00022168
Healey, Martin L. | 0001 | MTC-00009007
Healey, Paul | 0001 | MTC-00004068
healvin@ ieee.org | 0001 | MTC-00014671
Heaney, Mark | 0001 | MTC-00029612
Heaney, Steve | 0001 | MTC-00012783
Hearld, Kenneth | 0001 | MTC-00020632
Hearshman, Lori | 0001 | MTC-00007328
Hearth, Nadine | 0001 | MTC-00029592
Hearth, Richard | 0001 | MTC-00029594
Heasley, John | 0002 | MTC-00022571
Heater, Kevin | 0001 | MTC-00019166
Heath, Bob | 0002 | MTC-00012602
Heath, Jared | 0002 | MTC-00003298
Heath, Jeremy | 0001 | MTC-00024097
Heath, Larry | 0001 | MTC-00005218
Heath, Mike | 0001 | MTC-00016647
Heath, Robert | 0001 | MTC-00029415
Heath, Sam | 0001 | MTC-00032529
Heath, Sam | 0001 | MTC-00009915
Heath, Taliver | 0001 | MTC-00015303
Heath, Victoria | 0001 | MTC-00010511
Heaton, Garry | 0001 | MTC-00000146
Heaton, Stephen | 0001 | MTC-00011952
Hebdon, James | 0001 | MTC-00001235
Heberling, William | 0001 | MTC-00012502
Hebert, David | 0001 | MTC-00009370
Hebert, Jim | 0001 | MTC-00018245
Hebert, Robert | 0002 | MTC-00023258
Hechler, Charlene | 0002 | MTC-00033639
Hechtman, Martin | 0001 | MTC-00022023
Heck, Greg | 0001 | MTC-00011274
Heck, Greg | 0001 | MTC-00025446
Heck, Gregory | 0001 | MTC-00001219
Heck, Joseph | 0001 | MTC-00009812
Heckel, Evan | 0001 | MTC-00005170
Hecker, Alan | 0002 | MTC-00016522
Hecker, Jeff | 0003 | MTC-00026810
Hecker, Richard | 0002 | MTC-00004488
Heckman, Stan | 0001 | MTC-00018643
Hedal, Bob | 0001 | MTC-00014280
Hedberg, Chris | 0001 | MTC-00004826
Hedberg, Dale T. | 0001 | MTC-00020248
Hedbor, Laes | 0001 | MTC-00020188
Hedeman, David | 0001 | MTC-00021556
Hedgepath, Patrick J. | 0001 | MTC-00019301
Hedger, David | 0001 | MTC-00010254
Hedger, Michael | 0001 | MTC-00000715
Hedger, Ray | 0001 | MTC-00025817
Hedges, Andrew | 0001 | MTC-00013459
Hedgpeth, Wendy | 0001 | MTC-00001196
Hedington, Daniel | 0002 | MTC-00016711
Hedrick, Wayne | 0002 | MTC-00029222
Heebner, Merv | 0001 | MTC-00025345
Heeger, Jack | 0001 | MTC-00007297
Heenan, Robert | 0001 | MTC-00006108
Heffernan, Edward | 0001 | MTC-00030478
Heffernan, Mary Ann | 0001 | MTC-00020282
Hefferon, Jim | 0001 | MTC-00003881
Heffner, Max | 0001 | MTC-00022264
Heffner, Robert | 0001 | MTC-00007641
Heflan, Fred | 0001 | MTC-00029198
Hegarty, William | 0001 | MTC-00020797
Hegeman, Daniel | 0001 | MTC-00031359
Hegenbart, Joe | 0001 | MTC-00009591
Heidar, Helgi | 0001 | MTC-00026524
Heidar, Helgi | 0001 | MTC-00008380
Heide, Calvin | 0001 | MTC-00022425
Heidelberg, Andy | 0001 | MTC-00029469
Heidkamp, Seth | 0001 | MTC-00015831
Heidler, Frank E., Sr. | 0001 | MTC-00009593
Heiho, Frank | 0001 | MTC-00025884
Heikamp, N. | 0001 | MTC-00018101
Heikkila, Heath | 0001 | MTC-00032573
Heil, John | 0001 | MTC-00021154
Heileman, Diana | 0001 | MTC-00027821
Heilers, Charles R. | 0001 | MTC-00010699
Heilman, Deborah | 0001 | MTC-00013003
Heilman, Virginia | 0001 | MTC-00009394
Heimberger, Kari | 0002 | MTC-00027983
Heimbinder, Verna | 0001 | MTC-00013545
Heimer, Alex | 0001 | MTC-00029803
Hein, Bernadette | 0001 | MTC-00023156
Hein, Bernadette | 0001 | MTC-00010712
Hein, Craig | 0001 | MTC-00026108
Hein, Debby | 0001 | MTC-00011196
Hein, Laurie Snow | 0001 | MTC-00009004
Hein, Paul and Gail | 0001 | MTC-00016151
Heine, John | 0001 | MTC-00028925
Heine, Juergen | 0001 | MTC-00003126
Heinen, Dave | 0001 | MTC-00018851
Heines, Dan K. | 0001 | MTC-00007946
Heinfeldt, David | 0002 | MTC-00014210
Heininger, Jeffrey | 0001 | MTC-00032029
Heinis, Brian | 0001 | MTC-00014297
Heinkel, Linda | 0001 | MTC-00005929
Heinrichs, Nathaniel | 0001 | MTC-00023845
Heins, Eric | 0001 | MTC-00019942
Heins, Jill M. | 0001 | MTC-00009891
Heinsen, John | 0001 | MTC-00013238
Heintz, John D. | 0001 | MTC-00022412
Heinze, Mark | 0001 | MTC-00021524
Heinzen, Matt | 0002 | MTC-00016576
Heinzman, Jack | 0001 | MTC-00032024
Heischberg, Melissa | 0001 | MTC-00017860
Heiselfluflu@ cs.com | 0001 | MTC-00014438
Heiselt, Canon | 0001 | MTC-00022827
Heiserman, Blair | 0002 | MTC-00021785
Heister, Christopher | 0001 | MTC-00023356
Heitefuss, James | 0001 | MTC-00021186
Hejtmanek, Edward | 0001 | MTC-00027773
Hejtmanelk, Milan | 0001 | MTC-00015694
Hejza, Leo | 0001 | MTC-00017883
Hekkert, Carl | 0001 | MTC-00028832
Helbig, Earl and Ruth | 0001 | MTC-00008167
Helbig, Ruth and Earl | 0001 | MTC-00004442
Held, John | 0001 | MTC-00031638
Held, John | 0001 | MTC-00031603
Held, Seth | 0001 | MTC-00009373
Heleniak, Stan | 0001 | MTC-00007875
Heleniak, Stan | 0001 | MTC-00007873
Helfer, Alistair | 0001 | MTC-00019959
Helgeson, Donald | 0002 | MTC-00033517
Helin, Aki | 0001 | MTC-00014905
Hellar, Chuck | 0001 | MTC-00033583
Heller, Agnes | 0001 | MTC-00011073
Heller, Brian | 0002 | MTC-00013874
Heller, Gary | 0001 | MTC-00022270
Heller, Gary | 0002 | MTC-00021658
Heller, George | 0001 | MTC-00024639
Heller, Mary | 0001 | MTC-00007637
Heller, Robert | 0002 | MTC-00015434
Heller, Victoria | 0002 | MTC-00032201
Helling, Bonnie | 0001 | MTC-00006655
Hellman, Sid | 0002 | MTC-00016950
Hellums, Duane | 0003 | MTC-00002627
Helm, Al | 0001 | MTC-00012623
Helman, Oded | 0001 | MTC-00019090
Helmer, Guy | 0002 | MTC-00015853
Helmer, Rob | 0001 | MTC-00014820
Helmholdt, Thomas D. | 0002 | MTC-00000179
Helmich, Sandra | 0001 | MTC-00029260
Helmke, George | 0001 | MTC-00023932
Helmke, George | 0001 | MTC-00020090
Helms, John | 0002 | MTC-00016349
helms, Kimberly | 0001 | MTC-00007754
Helms, R.G. | 0002 | MTC-00009597
Helsel, Donald J. | 0001 | MTC-00005672
Helsley, Matthew | 0001 | MTC-00019215
Heltzel, Dennis | 0001 | MTC-00015840
Hemati, Russell | 0002 | MTC-00017539
Hembrock, Mary M | 0001 | MTC-00031136
Hemler, David | 0001 | MTC-00007702
Hemler, Laura | 0001 | MTC-00005577
Hemment, Scott | 0001 | MTC-00024870
Hemmer, Carol | 0001 | MTC-00011284
Hemmer, Tom | 0001 | MTC-00026324
Hemmer, Tom | 0001 | MTC-00005325
Hemmer, Tom | 0001 | MTC-00010126
Hemmerich, Gail | 0001 | MTC-00029381
Hemond, Michael | 0002 | MTC-00029418
Hencke, Robert | 0001 | MTC-00020244
Hendershot, Rob C. | 0001 | MTC-00026963
Henderson, Aaron | 0002 | MTC-00020258
Henderson, Debbie | 0001 | MTC-00014180
Henderson, Dee Ann | 0001 | MTC-00031011
Henderson, Dennis | 0002 | MTC-00011377
Henderson, Jack | 0001 | MTC-00011763
Henderson, Kathleen | 0002 | MTC-00031947
Henderson, Lisa | 0002 | MTC-00023967
Henderson, Peter | 0001 | MTC-00018761
Henderson, Rebecca | 0017 | MTC-00030602
Henderson, Steve | 0001 | MTC-00000174
Henderson, Steven | 0001 | MTC-00008609
Henderson, Thomas | 0001 | MTC-00013251
Henderson, Todd | 0002 | MTC-00025154
Henderson, Vivian and William | 0001 | MTC-00032559
Henderson-Rubio, Melvin | 0001 | MTC-00008392
Hendley, David | 0001 | MTC-00012475
Hendon, Travis | 0001 | MTC-00021002
Hendrick, Ty | 0001 | MTC-00016671
Hendricks, Ann | 0001 | MTC-00001477
Hendricks, David | 0001 | MTC-00007121
Hendricks, Dawn | 0001 | MTC-00020399
Hendricks, John | 0001 | MTC-00012668
Hendricks, Mark | 0003 | MTC-00023105
Hendricks, Mark | 0001 | MTC-00022973
Hendricks, Mark D. | 0002 | MTC-00002880
Hendricks, Rodger | 0002 | MTC-00025269
Hendrickson, Chris | 0004 | MTC-00016642
Hendrickson, Eric | 0001 | MTC-00019883
Hendrickson, John D. | 0002 | MTC-00004055
Hendrickson, Kenneth J. | 0006 | MTC-00027113
Hendrickson, Kenneth J. | 0007 | MTC-00029599
Hendrickson, Marlene | 0001 | MTC-00008539
Hendrickson, Morgan | 0001 | MTC-00023183
Hendrix, Giles | 0001 | MTC-00022696
Hendrix, Ron | 0001 | MTC-00032848
Hengen, Vicki | 0001 | MTC-00031815
henk@ snapper.sonerplaza.nl | 0001 | MTC-00010715
Henke, Michael | 0001 | MTC-00013224
Henley, Joe | 0001 | MTC-00015729
Henley, Joe | 0001 | MTC-00000758
Henn, Thomas J. | 0001 | MTC-00006715
Hennes, Bruce | 0001 | MTC-00030356
Hennigar, Donmette | 0001 | MTC-00023234
Hennigen, Emily and Elmer | 0001 | MTC-00025402
Hennign, David | 0001 | MTC-00017153
Henri, Axel | 0001 | MTC-00007922
Henrichsen, Gail | 0001 | MTC-00022628
Henrici, Christoph | 0001 | MTC-00014996
Henrickson, C. Thomas | 0001 | MTC-00031357
Henriksen, Jason | 0001 | MTC-00017376
Henriquez, Frank | 0001 | MTC-00018289
Henry, David | 0001 | MTC-00011090
Henry, David | 0001 | MTC-00008299
Henry, David S. | 0001 | MTC-00021505
Henry, Hank | 0001 | MTC-00027255
Henry, Joseph | 0001 | MTC-00004367
Henry, Joseph | 0001 | MTC-00004368
Henry, Joseph | 0001 | MTC-00019556
Henry, Mary | 0002 | MTC-00010673
Henry, Michael | 0001 | MTC-00020364
Henry, Paul | 0001 | MTC-00004354
Henry, Paul | 0002 | MTC-00025795
Henry, Shirley | 0001 | MTC-00030273
Henry, Stephen | 0002 | MTC-00002633
Henry, Wes | 0003 | MTC-00017878
Henry, William G. | 0001 | MTC-00013229
Hensel, Alan | 0001 | MTC-00009843
Hensel, J. C. | 0001 | MTC-00030578
Henshaw, Fran | 0001 | MTC-00030531
Henshaw, Glen | 0002 | MTC-00015801
Henshaw, Jan | 0001 | MTC-00013233
Henshaw, Jan | 0001 | MTC-00023730
Henshaw, Joseph | 0001 | MTC-00030533
Hensley, John | 0001 | MTC-00031337
Hensley, Rudolph | 0001 | MTC-00013240
Hensley, Rudolph | 0001 | MTC-00009399
Hensley, Rudolph | 0001 | MTC-00013118
Hensley, Steve | 0001 | MTC-00033242
Hensley, William | 0001 | MTC-00003501
Hentges, Al J. | 0001 | MTC-00006928
Hentges, Chris | 0001 | MTC-00029718
Hepburn, Robert II | 0001 | MTC-00029117
Hepner, Ed | 0001 | MTC-00006582
Heppell, Nadine | 0001 | MTC-00006413
Hepperle, Don | 0001 | MTC-00009273
Hepps, S. A. | 0001 | MTC-00008530
Heraud, Denis | 0001 | MTC-00013132
herb-nancy@ worldnet.att.net | 0001 | MTC-00016021
herbamac@ showcrest.net | 0001 | MTC-00002136
Herber, John | 0001 | MTC-00013591
Herbert, Gary | 0001 | MTC-00008365
herbholm@ aol.com | 0001 | MTC-00017314
Herbig, Nigel | 0001 | MTC-00017496
Herbold, Patricia | 0001 | MTC-00032957
Herbst, Daniel | 0002 | MTC-00026881
Herbst, Larry | 0001 | MTC-00007299
Herbst, Mike | 0001 | MTC-00004511
Herbst, Mike | 0001 | MTC-00000135
Heredia, Geoff | 0001 | MTC-00014246
Herfindahl, Larry | 0001 | MTC-00001540
Hering, Bob | 0001 | MTC-00026462
Herke, Mark | 0001 | MTC-00006205
Herlevic, Toney | 0001 | MTC-00006170
Herman, Allan | 0001 | MTC-00013567
Herman, Bill | 0001 | MTC-00027069
Herman, Ed | 0001 | MTC-00021241
Herman, Jon | 0001 | MTC-00015844
Herman, Lawrence | 0001 | MTC-00026125
Herman, Leonard | 0002 | MTC-00003179
Herman, Lloyd | 0001 | MTC-00012505
Herman, Pan | 0001 | MTC-00013532
Herman, Perry | 0001 | MTC-00006010
Herman, Tod | 0001 | MTC-00002730
Hermann, Zarren | 0001 | MTC-00013643
Hermann, James | 0001 | MTC-00000531
Hermann, Jim | 0003 | MTC-00010686
Hermann, M. | 0001 | MTC-00010718
Hermann, Nilda | 0001 | MTC-00013019
Hermary, Terry | 0001 | MTC-00000947
Hermes, John | 0002 | MTC-00003839
Hermetz, Andrew | 0001 | MTC-00023563
Hermiz, Teresa | 0001 | MTC-00017567
Hermmus, Robert | 0001 | MTC-00026332
Hernandez, Dotti | 0001 | MTC-00012301
Hernandez, Emile | 0001 | MTC-00005552
Hernandez, Mark | 0002 | MTC-00017632
Hernandez, Rose M. | 0001 | MTC-00006007
Herndon, Bill and Dorothy | 0001 | MTC-00027245
Herndon, David | 0001 | MTC-00002744
Herndon, Jack | 0001 | MTC-00018725
Herndon, John | 0001 | MTC-00018703
Herne, Linda | 0001 | MTC-00011435
Heroldra@ juno.com | 0001 | MTC-00006559
Herr Steve and Kathleen | 0001 | MTC-00022484
Herr, Dana M. | 0001 | MTC-00013720
Herr, Jerry | 0001 | MTC-00006521
Herrboldt, Kevin | 0001 | MTC-00022431
Herrell, Richard | 0001 | MTC-00019788
Herrell, Richard | 0002 | MTC-00019790
Herrice, Nancy | 0001 | MTC-00000512
Herrick, Matt | 0004 | MTC-00011526
Herrin, Eloise | 0001 | MTC-00021478
Herrin, Margaret K. | 0001 | MTC-00027146
Herring, Andreanne | 0001 | MTC-00029211
Herring, Harvey | 0001 | MTC-00030942
Herring, Jim | 0001 | MTC-00022932
Herring, William | 0001 | MTC-00027780
Herrington, Mike | 0001 | MTC-00025616
Herrman, Les | 0001 | MTC-00005946
Herrmann, Andrew F. | 0002 | MTC-00001191
Herrmann, Andrew F. | 0001 | MTC-00001779
Herrmann, Jim | 0001 | MTC-00018873
Herron, Sharon | 0001 | MTC-00010088
Herschbein, Samuel | 0001 | MTC-00019114
Hershberger, David | 0002 | MTC-00004536
Hershberger, Doug | 0001 | MTC-00019442
Herstel, Andrew J. | 0001 | MTC-00027028
Hertel, Christopher R. | 0003 | MTC-00026010
Hertless, Harry | 0001 | MTC-00011403
Hertzfeld, John | 0001 | MTC-00007311
Hertzog, Bill | 0001 | MTC-00018837
Hertzog, James | 0001 | MTC-00028319
Hertzsch, Sean | 0002 | MTC-00016427
Heruold, Kiesan | 0001 | MTC-00017754
Herzfeld, John | 0001 | MTC-00022361
Herzog, Keith | 0001 | MTC-00009960
Herzog, Paul | 0002 | MTC-00014903
Heslin, Patrick | 0001 | MTC-00011866
Hess, James | 0001 | MTC-00018425
Hess, Kristie | 0001 | MTC-00005334
Hess, Robert | 0001 | MTC-00008063
Hess, Russell | 0001 | MTC-00013557
Hesse, Allan J. | 0001 | MTC-00029614
Hesse, Lyon | 0001 | MTC-00007268
Hessler, Doris | 0001 | MTC-00022024
Hessman, Mark | 0002 | MTC-00015913
Hester, J. David | 0001 | MTC-00013695
Hester, Mark | 0001 | MTC-00005882
Hester, Randy | 0001 | MTC-00000769
Hester, Todd | 0002 | MTC-00014255
Hethcoat, Charles | 0002 | MTC-00024483
Hetherington, Richard | 0001 | MTC-00006166
Hetrick, Brian | 0001 | MTC-00017575
Hetrick, Donald | 0001 | MTC-00005203
Hetrick, Donald | 0001 | MTC-00032360
Hettler, Paula | 0001 | MTC-00008451
Heuerman, John | 0002 | MTC-00009759
Heugly, Dee L. | 0002 | MTC-00030094
Hever, Greg | 0001 | MTC-00009081
Hewitt, Brian | 0001 | MTC-00029588
Hewitt, Paul | 0002 | MTC-00001240
Hewlett, Thomas | 0001 | MTC-00013465
Hewson, Alex | 0001 | MTC-00020447
Heyman, Jerry | 0002 | MTC-00015612
Heymann, Ralph | 0001 | MTC-00005084
Heymann, William | 0002 | MTC-00014867
Heywood, Dustin | 0001 | MTC-00020241
hf.consult@ juno.com | 0001 | MTC-00026942
Hgen, John | 0002 | MTC-00028514
hhough—60plus@ yahoo.com | 0001 | MTC-00014493
Hi There | 0001 | MTC-00006231
Hiatt, Blake W. | 0001 | MTC-00013748
Hiatt, Lyn | 0001 | MTC-00025726
Hibbs, James | 0001 | MTC-00012256
Hibdan, Terry | 0001 | MTC-00024407
Hibling, richard | 0001 | MTC-00019480
Hibshman, David | 0001 | MTC-00003461
Hickey, Kenneth | 0001 | MTC-00009653
Hickey, Matt | 0001 | MTC-00011708
Hickey, Michael | 0003 | MTC-00009780
Hickey, William and Joyce | 0001 | MTC-00007025
Hickman, Brenda | 0001 | MTC-00022138
Hickman, John | 0001 | MTC-00011919
Hickman, Mary and John | 0001 | MTC-00014164
Hickman, Mary-Johne | 0001 | MTC-00010679
Hickman, Mary-Jonne | 0001 | MTC-00007763
Hickman, W. Bryant | 0001 | MTC-00013032
Hicks, Art | 0001 | MTC-00006386
Hicks, David | 0001 | MTC-00008646
Hicks, Mike | 0005 | MTC-00003436
Hicks, Richard | 0001 | MTC-00012616
Hicks, Robert | 0001 | MTC-00000253
Hicks, Robert | 0001 | MTC-00006187
Hicks, Robert | 0001 | MTC-00002448
Hicks, Steven | 0001 | MTC-00016235
Hicks, Thomas | 0001 | MTC-00019909
Hieberg, Darren | 0001 | MTC-00001310
Hiebert, Dan | 0001 | MTC-00019013
Hielke, Robert | 0001 | MTC-00002490
Hiestand, T.C. | 0002 | MTC-00033153
Higdon, Jerry | 0001 | MTC-00023927
Higdon, Jerry | 0001 | MTC-00033401
Higginbotham, Randy | 0001 | MTC-00003157
Higginbotham, Richard | 0001 | MTC-00032746
Higginbotham, Richard W. | 0001 | MTC-00025891
Higgins, Brian | 0001 | MTC-00004409
Higgins, Charlene | 0001 | MTC-00010646
Higgins, Chris | 0001 | MTC-00007319
Higgins, John J. | 0001 | MTC-00006013
Higgins, Ronnie | 0003 | MTC-00028814
Higgins, T.P. | 0001 | MTC-00012135
Higgins, T.P. | 0001 | MTC-00022268
Higgs, Glenda | 0001 | MTC-00019305
Higgs, Glenda | 0001 | MTC-00012615
Higgs, Glenda | 0001 | MTC-00005333
High, Donald | 0001 | MTC-00033022
High, Katherine | 0001 | MTC-00033023
High, Michael | 0001 | MTC-00021518
Highberg, John D. | 0001 | MTC-00002137
Hightower, John | 0002 | MTC-00002947
Hightower, John | 0001 | MTC-00010780
Hightower, John | 0001 | MTC-00000554
Hightower, Lester | 0002 | MTC-00003385
Higigns, Chris | 0003 | MTC-00005617
Hihn, Jason | 0001 | MTC-00003832
Hilal, George | 0002 | MTC-00025899
Hilburn, Jerry | 0003 | MTC-00030337
Hilchie, Larry | 0001 | MTC-00030191
Hildebrand, Leland | 0002 | MTC-00029210
Hildebrand, William | 0001 | MTC-00010766
Hildebrandt, Barb | 0003 | MTC-00013153
Hilden, Joseph | 0001 | MTC-00005254
Hildermann, D. F. | 0003 | MTC-00004094
Hilditch, Steve | 0001 | MTC-00025353
Hildreth, Ramon X. | 0001 | MTC-00018558
Hilfersing, Eric | 0002 | MTC-00024073
Hilgart, Art | 0002 | MTC-00010804
Hilgendorf, J. A. | 0001 | MTC-00005981
Hilgers, Laurie | 0001 | MTC-00012684
Hilker, John | 0001 | MTC-00004535
Hill rexford | 0001 | MTC-00017974
Hill Sr., Joseph | 0001 | MTC-00014207
Hill, Alex | 0001 | MTC-00025650
Hill, Andrew W. | 0001 | MTC-00004715
Hill, Benjamin N. | 0001 | MTC-00015653
Hill, Bobby | 0001 | MTC-00010012
Hill, Carole | 0001 | MTC-00023879
Hill, Carole | 0001 | MTC-00033377
Hill, Charles | 0001 | MTC-00021081
Hill, Chuck | 0002 | MTC-00003509
Hill, Curtis T. | 0001 | MTC-00009118
Hill, Darlene | 0001 | MTC-00027081
Hill, Dave | 0001 | MTC-00002315
Hill, Dave C. | 0004 | MTC-00010171
Hill, Dave C. | 0005 | MTC-00001007
Hill, Dave C. | 0001 | MTC-00001703
Hill, Dave C. | 0001 | MTC-00002200
Hill, Dave C. | 0006 | MTC-00008896
Hill, David | 0001 | MTC-00010786
Hill, David C. | 0002 | MTC-00004729
Hill, David C. | 0002 | MTC-00023407
Hill, David R. | 0001 | MTC-00011957
Hill, David W. | 0001 | MTC-00009893
Hill, Dawn | 0001 | MTC-00021667
Hill, Edward H. | 0003 | MTC-00030725
Hill, Eric | 0003 | MTC-00019763
Hill, Erik | 0001 | MTC-00014860
Hill, Faith A. | 0001 | MTC-00027971
Hill, Franklin | 0001 | MTC-00014543
Hill, Gary | 0001 | MTC-00029880
Hill, Gary | 0002 | MTC-00027876
Hill, Glenda | 0001 | MTC-00008647
Hill, Gorden | 0001 | MTC-00005991
Hill, Ingrid | 0001 | MTC-00010135
Hill, J. charles | 0001 | MTC-00020824
Hill, Jack | 0001 | MTC-00006606
Hill, Jackie | 0001 | MTC-00024877
Hill, Jay | 0001 | MTC-00000214
Hill, Jeffrey | 0001 | MTC-00013906
Hill, Jerald | 0001 | MTC-00005074
Hill, Jim | 0001 | MTC-00000278
Hill, Johnathan | 0001 | MTC-00010742
Hill, Jon | 0001 | MTC-00014152
Hill, Jonathan | 0001 | MTC-00011381
Hill, Loretta | 0001 | MTC-00031967
Hill, Mike | 0002 | MTC-00003406
Hill, Mr. and Mrs. Richard F. | 0001 | MTC-00009121
Hill, P | 0001 | MTC-00033017
Hill, Peter | 0001 | MTC-00027882
Hill, Randal | 0001 | MTC-00030999
Hill, Randall | 0001 | MTC-00030986
Hill, Randy | 0002 | MTC-00011361
Hill, Richard | 0001 | MTC-00006959
Hill, Sam | 0002 | MTC-00015012
Hill, Stephen P. | 0001 | MTC-00018578
Hill, Steve | 0001 | MTC-00027967
Hill, Steven | 0001 | MTC-00000224
Hill, Thomas | 0001 | MTC-00010316
Hill, Tom | 0001 | MTC-00012226
Hill, William | 0001 | MTC-00020729
Hill, William | 0001 | MTC-00017528
Hill, Win | 0001 | MTC-00015008
Hill-Popper, Carl | 0001 | MTC-00015340
Hillegass, Jim | 0001 | MTC-00000190
Hillemann, Craig | 0002 | MTC-00010733
Hillemann, Craig | 0002 | MTC-00011064
Hiller III, Russel D. | 0001 | MTC-00007624
Hilley, Jimmy | 0001 | MTC-00000045
Hillger, Richard | 0001 | MTC-00007575
Hillgren, Douglas | 0001 | MTC-00018507
Hilliar, Paul | 0001 | MTC-00032538
Hilliard, Justin | 0001 | MTC-00023543
Hilliard, Robert J. | 0001 | MTC-00019687
Hilliard, Warren | 0001 | MTC-00013976
Hilliker, Frank | 0001 | MTC-00031760
Hillis, Sheri | 0001 | MTC-00013685
Hillman, Al | 0002 | MTC-00014298
Hillman, Al | 0001 | MTC-00006109
Hillman, Edd | 0001 | MTC-00018431
Hillman, Gerald | 0002 | MTC-00033649
Hillman, John K. | 0001 | MTC-00025995
Hillmann, Scott | 0001 | MTC-00023600
Hills, Jason | 0001 | MTC-00017594
Hills, Theodore | 0001 | MTC-00023291
Hillyer, June | 0002 | MTC-00033109
Hilmers, Carol | 0001 | MTC-00025233
Hilseberg, Terry | 0001 | MTC-00002938
Hilt, Edward and Marilynn | 0001 | MTC-00027288
Hilt, John | 0001 | MTC-00023047
Hilton, Dorothy | 0001 | MTC-00006862
Hilton, Jeffrey | 0001 | MTC-00022582
Hilton, Julie K. | 0001 | MTC-00031190
Hilton, Keith | 0001 | MTC-00027747
Hilton, Mark | 0001 | MTC-00030729
Hilton, Phil | 0001 | MTC-00015922
Hilton, Ron | 0003 | MTC-00026618
Hilton, Sharon | 0001 | MTC-00021012
Hiltz, Peter | 0002 | MTC-00016802
Hilyard, Signe | 0001 | MTC-00014282
Himes, Barbara A. | 0001 | MTC-00014628
Himes, Glenn | 0001 | MTC-00000497
Himes, Jamees | 0001 | MTC-00024423
Himes, John | 0001 | MTC-00008717
Himes, Joshua | 0001 | MTC-00027088
Himes, Rees | 0001 | MTC-00008401
Himmelberg, Robert | 0002 | MTC-00033316
Himmelfarb, Herb | 0001 | MTC-00004636
Himmelfarb, Herbert S. | 0001 | MTC-00032323
Himmelsbach, Andy | 0001 | MTC-00022960
Himmer, George and Cynthia | 0001 | MTC-00016400
Himmerick, Kyle | 0001 | MTC-00018645
Hinchey, Steve | 0002 | MTC-00004967
Hindricks, Elsie | 0001 | MTC-00022999
Hinds, F.C. Jr. | 0001 | MTC-00026467
Hinds, James | 0001 | MTC-00000943
Hinds, Jim | 0001 | MTC-00002110
Hinds, Mark | 0001 | MTC-00033543
Hinds, Mark | 0001 | MTC-00027456
Hine, Edward | 0001 | MTC-00010573
Hine, Kevin | 0001 | MTC-00020374
Hiner, Chris | 0001 | MTC-00016469
Hiner, Joy | 0001 | MTC-00029112
Hines, Ben | 0001 | MTC-00016695
Hines, E. | 0001 | MTC-00019676
Hines, Erthel | 0001 | MTC-00032567
Hines, Jim | 0001 | MTC-00017853
Hines, Robert | 0001 | MTC-00011586
Hines, Valerie | 0001 | MTC-00008692
Hinesly, Juanema | 0001 | MTC-00010602
Hinkle, Alys | 0001 | MTC-00008306
Hinkle, Barton L. | 0001 | MTC-00005731
Hinkle, Chuck | 0001 | MTC-00000692
Hinman, Joan and Dick | 0001 | MTC-00009067
Hinnant, Lillie | 0001 | MTC-00020941
Hinrichs, Randy | 0002 | MTC-00011610
Hinrichs, Tom | 0001 | MTC-00031350
Hinsch Jr., James E. | 0001 | MTC-00006273
Hinshaw, Byrd | 0001 | MTC-00020440
Hinsicker, Bert | 0002 | MTC-00024970
Hinson, Chuck | 0001 | MTC-00015842
Hinson, James | 0001 | MTC-00032722
Hinson, Johnie | 0001 | MTC-00025889
Hinson, Johnie Rev. | 0001 | MTC-00008218
Hinton, Carolyn | 0001 | MTC-00007739
Hinton, Roy | 0002 | MTC-00032186
Hintz, Harry | 0001 | MTC-00032555
Hintz, Harry | 0001 | MTC-00032657
Hintze, Ralph | 0001 | MTC-00032964
hipmarjory@ webtv.net | 0001 | MTC-00011132
Hipp, Michael | 0001 | MTC-00002646
Hipps, Jay | 0002 | MTC-00001864
Hiramoto, Karl | 0001 | MTC-00000523
Hirollerig@ aol.com | 0001 | MTC-00008676
Hirons, Budd | 0001 | MTC-00012784
Hirsch, David | 0001 | MTC-00018878
Hirschhorn, Alan D. | 0001 | MTC-00013638
Hirschman, Jonathan | 0003 | MTC-00004689
Hirsh, Jordan M. | 0001 | MTC-00024548
Hirsh, Marian | 0002 | MTC-00032456
Hirsh, Miriam | 0002 | MTC-00032153
Hirst, David | 0002 | MTC-00003586
Hirvela, Brian | 0001 | MTC-00023239
Hise, Jeremy | 0001 | MTC-00015494
Hisle, Kenneth | 0001 | MTC-00022930
Hisle, Kenneth | 0001 | MTC-00022931
Histed, Mark | 0002 | MTC-00016323
Hitchcock, Adam | 0001 | MTC-00022734
Hitchcock, Mike | 0001 | MTC-00020400
Hitchcock, Will | 0001 | MTC-00011083
Hitchens, Ron | 0002 | MTC-00026822
Hitchinson, W.R. | 0001 | MTC-00011659
Hite, Peggy A. | 0001 | MTC-00008476
Hith, Evelyn | 0002 | MTC-00031826
Hitt, Robert | 0001 | MTC-00013667
Hiu, Jim | 0005 | MTC-00010797
Hix, Keith | 0001 | MTC-00009603
Hix, Ray | 0001 | MTC-00012150
Hixon, Ray | 0001 | MTC-00003410
Hixson, Charles | 0001 | MTC-00004902
Hixson, Charles | 0001 | MTC-00018030
Hixson, Charles D. | 0001 | MTC-00000595
Hixson, Lester | 0001 | MTC-00029293
HJ | 0001 | MTC-00001579
HJ | 0001 | MTC-00002328
hjelte99@ msn.com | 0001 | MTC-00011422
hking24834@ aol.com | 0001 | MTC-00028062
Hlava, Joyce | 0001 | MTC-00026009
HLW125@ aol.com | 0001 | MTC-00006217
HMGUZZO@ aol.com | 0001 | MTC-00028136
HML101@ aol.com | 0001 | MTC-00007350
hn94306@ sbcglobal.net | 0001 | MTC-00010386
Hnatow, Joel | 0001 | MTC-00003753
Hnorris@ west.raytheon.com | 0001 | MTC-00014654
Ho, Karin, E. | 0001 | MTC-00003921
hO, mARGARET | 0001 | MTC-00025281
Ho, Michael | 0001 | MTC-00008628
Ho, Rayson | 0001 | MTC-00027232
Hoag, Ken | 0001 | MTC-00001046
Hoback, LAne | 0001 | MTC-00025242
Hoban, Tom | 0001 | MTC-00012946
Hobart, Aaron | 0001 | MTC-00015107
Hobart, David | 0001 | MTC-00014404
Hobbs, Harlan F. | 0001 | MTC-00007322
Hobbs, Jansa | 0001 | MTC-00024895
Hobbs, Jason | 0001 | MTC-00001626
Hobbs, Susan | 0001 | MTC-00008472
Hobin, Frank | 0001 | MTC-00021577
Hobin, Frank | 0001 | MTC-00008077
Hobor, Aguiras | 0002 | MTC-00020108
Hobson, Jonathan | 0002 | MTC-00032304
Hobson, Terrance | 0001 | MTC-00021604
Hochberger, Alex | 0003 | MTC-00000547
Hochhalter, Brian | 0001 | MTC-00019849
Hochheiser, Harry | 0002 | MTC-00004631
Hochman, Rlaph J. | 0001 | MTC-00004019
Hochrine, Chris | 0001 | MTC-00019503
Hockenberry, David | 0001 | MTC-00013264
Hockin, Tim | 0001 | MTC-00003695
Hockin, Tim | 0001 | MTC-00000441
Hockmon, Samuel | 0001 | MTC-00030914
Hodapp, Kevin | 0002 | MTC-00000663
Hodgdon, Bob | 0001 | MTC-00029763
Hodgers, James | 0001 | MTC-00016652
Hodges, Gil | 0001 | MTC-00008720
Hodges, Kenneth | 0001 | MTC-00020268
Hodgins, Gerald | 0001 | MTC-00031209
Hodgson, David | 0001 | MTC-00006002
Hodgson, Peter | 0001 | MTC-00011147
Hodgson, Peter | 0001 | MTC-00012039
Hodgson, R. | 0001 | MTC-00026032
Hodgson, Robert | 0002 | MTC-00006820
Hodgson, Robert | 0001 | MTC-00000596
Hodgson, Robert | 0001 | MTC-00004863
Hodgson, Robert K. | 0001 | MTC-00002246
Hodnett, James | 0001 | MTC-00020658
Hoebel, Robert | 0001 | MTC-00026482
Hoech, David | 0001 | MTC-00012012
Hoechestetter, Jim | 0001 | MTC-00011965
Hoefer, Bernie | 0001 | MTC-00030130
Hoefler, Raymond | 0001 | MTC-00022497
Hoehne, Paul | 0002 | MTC-00017796
Hoelzer, Ronald | 0001 | MTC-00032666
Hoener, Jeffrey R. | 0001 | MTC-00031130
Hoerner, Andrew | 0001 | MTC-00027152
Hoerner, Paul A. | 0002 | MTC-00005085
Hoernlein, Jacqueline | 0002 | MTC-00033334
Hoesen, William | 0002 | MTC-00032450
Hoess, Christopher | 0002 | MTC-00026520
Hofer, Andrew | 0001 | MTC-00016999
Hoff, Dave | 0001 | MTC-00007070
Hoff, Peter | 0001 | MTC-00000546
Hoff, Regina | 0001 | MTC-00020392
Hoffarth, Nancy | 0001 | MTC-00024966
Hoffman | 0001 | MTC-00010087
Hoffman, Andrew | 0001 | MTC-00031019
Hoffman, Auren | 0001 | MTC-00008177
Hoffman, Bill | 0001 | MTC-00006988
Hoffman, Bob | 0001 | MTC-00005605
Hoffman, Bruce | 0001 | MTC-00007334
Hoffman, Charleen | 0001 | MTC-00011058
Hoffman, Charles | 0001 | MTC-00012353
Hoffman, Charles B. | 0001 | MTC-00000102
Hoffman, Dean | 0001 | MTC-00023615
Hoffman, Del | 0001 | MTC-00029499
Hoffman, Helen | 0001 | MTC-00009683
Hoffman, J. Scott | 0003 | MTC-00016488
Hoffman, Joe | 0001 | MTC-00003053
Hoffman, Karen | 0001 | MTC-00024923
Hoffman, Karen | 0001 | MTC-00030365
Hoffman, Leon | 0002 | MTC-00010629
Hoffman, Mark | 0001 | MTC-00005777
Hoffman, Mark | 0001 | MTC-00026812
Hoffman, Matt | 0001 | MTC-00006142
Hoffman, Melaine | 0003 | MTC-00027748
Hoffman, Peter Holt | 0002 | MTC-00003668
Hoffman, Randy | 0001 | MTC-00024928
Hoffman, Randy | 0001 | MTC-00030416
Hoffman, Rich | 0001 | MTC-00005616
Hoffman, Roberta | 0001 | MTC-00032726
Hoffman, Russell | 0001 | MTC-00031567
Hoffman, Scott M. | 0001 | MTC-00003641
Hoffman, Scott M. | 0001 | MTC-00001550
Hoffman, Thad | 0001 | MTC-00024310
Hoffman, Thomas | 0001 | MTC-00003190
Hoffman, Timothy S. | 0002 | MTC-00002672
Hoffman, Torrey | 0001 | MTC-00018063
Hoffman, Warren | 0001 | MTC-00008415
Hoffman, William | 0001 | MTC-00000994
Hoffmeyer, Lance | 0001 | MTC-00019021
Hoffner, Charles W. | 0002 | MTC-00004719
Hoffnung, Leonard | 0001 | MTC-00017231
Hofmann, James | 0001 | MTC-00023653
Hofmann, Joan Maire | 0001 | MTC-00026165
Hofmann, Mark | 0001 | MTC-00027692
Hofmeister, Phillip | 0003 | MTC-00004548
Hogaboom, Ralph | 0001 | MTC-00018001
Hogan, Dan | 0001 | MTC-00027601
Hogan, David | 0001 | MTC-00023545
Hogan, David | 0001 | MTC-00005951
Hogan, LeRoy | 0001 | MTC-00002855
Hogan, Patrick and Marlene | 0001 | MTC-00014038
Hogarty, Tom | 0001 | MTC-00003880
Hogberg, Arthur F. | 0001 | MTC-00001189
Hogen, Thomas | 0001 | MTC-00030410
Hogen, Thomas | 0001 | MTC-00030441
Hoggan, Michael S. | 0001 | MTC-00003620
Hogoboom, Bill | 0001 | MTC-00002419
Hogue, Marcus P. | 0001 | MTC-00006280
Hogue, Robert | 0001 | MTC-00005291
Hohensee, Rick | 0001 | MTC-00000487
Hohlweg, Brent | 0001 | MTC-00002394
Hohm, John | 0001 | MTC-00018711
Hohmann, James P. | 0001 | MTC-00025912
Hohn, Charles | 0001 | MTC-00027681
Hohn, James | 0001 | MTC-00026542
hohobike@ yahoo.com | 0001 | MTC-00021969
hohohams@ hotmail.com | 0001 | MTC-00021410
Hohu, Charles | 0001 | MTC-00027701
Hojnicki, Leo | 0001 | MTC-00011796
Hokanson, Nathan | 0001 | MTC-00017694
Hoke, Jason | 0001 | MTC-00005032
Hoke, John S. | 0001 | MTC-00009379
Hokel, Thomas | 0002 | MTC-00014286
Hoker, Kyle | 0002 | MTC-00001558
Holan, Michael | 0001 | MTC-00031807
Holan, Michael | 0001 | MTC-00031836
Holanberg, Carl | 0001 | MTC-00024572
Holand, Karen | 0002 | MTC-00025318
Holbert, Grant | 0001 | MTC-00016974
Holbert, Jonathan | 0001 | MTC-00026095
Holbrook, Mark | 0001 | MTC-00016656
Holbrook, Megan | 0001 | MTC-00022699
Holcomb, Brett I. | 0001 | MTC-00018771
Holcomb, Jeff | 0001 | MTC-00011374
Holcomb, John | 0001 | MTC-00016093
Holcomb, Katherine | 0001 | MTC-00018925
Holcombe, Betty M. | 0001 | MTC-00007591
holdandassoc@ ix.netcan.com | 0001 | MTC-00014558
Holden, Bob and Betty | 0001 | MTC-00013033
Holden, Jim | 0001 | MTC-00006675
Holden, Mr. and Mrs. Robert S. | 0001 | MTC-00025277
Holden, Pefer | 0001 | MTC-00031072
Holden, Steve | 0002 | MTC-00003067
Holden, Stuarty | 0001 | MTC-00008468
Holden, Susan | 0001 | MTC-00006828
Holdener, Steve | 0002 | MTC-00016171
Holder, Gaylord | 0002 | MTC-00017105
Holder, Janice | 0001 | MTC-00026634
Holder, Steve | 0001 | MTC-00016768
Holderbaum, Zena | 0001 | MTC-00013512
Holding, Harry | 0001 | MTC-00009282
Holding, Harry | 0001 | MTC-00014354
Holdredge, Chris | 0001 | MTC-00015090
Holdveith, Harold | 0002 | MTC-00027729
Holert, Bob | 0001 | MTC-00007119
Holeton, Mike | 0001 | MTC-00021631
holgate@ montana.com | 0001 | MTC-00028242
Holkan, Bob | 0001 | MTC-00008294
Holkan, Bob | 0001 | MTC-00001921
Holkan, Bob | 0002 | MTC-00024844
Hollabaugh, Marie | 0002 | MTC-00029156
Hollabaugh, Thomas A. | 0001 | MTC-00029167
Holladay, Robert | 0001 | MTC-00006639
Holland, Keith | 0001 | MTC-00018751
Holland, Art | 0001 | MTC-00026941
Holland, Art | 0001 | MTC-00000643
Holland, Brian | 0001 | MTC-00007884
Holland, Chris | 0001 | MTC-00022151
Holland, Claude | 0001 | MTC-00028852
Holland, Craig | 0001 | MTC-00003739
Holland, Franklin and Brenda | 0002 | MTC-00014612
Holland, J. | 0001 | MTC-00000834
Holland, James W. | 0003 | MTC-00003953
Holland, Jason | 0001 | MTC-00004086
Holland, Jim | 0001 | MTC-00006148
Holland, John | 0001 | MTC-00015939
Holland, John | 0001 | MTC-00016070
Holland, Pete | 0001 | MTC-00014594
Holland, Peter | 0001 | MTC-00011298
Holland, Steven | 0003 | MTC-00030571
Hollander, Trina | 0001 | MTC-00023463
Hollandsworth, Evans | 0001 | MTC-00010564
Holledge, Simon | 0001 | MTC-00001035
Hollenbeck, Dick | 0001 | MTC-00000796
Hollenbeck, Dick | 0001 | MTC-00010567
Hollender, Trina | 0001 | MTC-00009411
Holley, Adam | 0001 | MTC-00015537
Holley, Christopher | 0001 | MTC-00026677
Holley, Duncan | 0002 | MTC-00004447
Holley, Robert C. | 0001 | MTC-00022134
Holliday, Clarys | 0001 | MTC-00031303
Holliday, Eric | 0002 | MTC-00029496
Holliday, Kim | 0001 | MTC-00022700
Holliker, Lise | 0001 | MTC-00013550
Holliman, John C. | 0001 | MTC-00022104
Hollin, Bernard | 0001 | MTC-00005920
Hollin, Bernrd Gert | 0001 | MTC-00012127
Hollinger, Roy | 0001 | MTC-00019380
Hollings, Deborah | 0001 | MTC-00026927
Hollings, Jessica | 0001 | MTC-00029306
Hollings, Peter | 0002 | MTC-00033537
Hollings, Peter | 0002 | MTC-00027433
Hollingsworth, Peter | 0001 | MTC-00018228
Hollis, Charles | 0001 | MTC-00012678
Hollis, Ricky | 0001 | MTC-00021519
Holloway, Chris | 0001 | MTC-00025169
Holloway, Tim | 0001 | MTC-00029587
Holloway, Vance | 0001 | MTC-00006421
Holly, David M. | 0001 | MTC-00012173
holly—miller@ hotmail.com | 0001 | MTC-00028108
Holm, Audrey | 0001 | MTC-00027304
Holm, Herb | 0001 | MTC-00021989
Holm, Herbert L. | 0001 | MTC-00014763
Holm, Roger | 0001 | MTC-00012948
Holman, Dusty | 0001 | MTC-00010551
Holman, Kermit | 0001 | MTC-00028002
Holman, Stanley | 0001 | MTC-00005286
Holmberg, Carl | 0002 | MTC-00017895
Holmer, Curt | 0002 | MTC-00020844
Holmer, Glenn | 0002 | MTC-00025803
Holmes, Bryce | 0002 | MTC-00005952
Holmes, Don | 0001 | MTC-00006416
Holmes, Joseph | 0001 | MTC-00002251
Holmes, Loren T. | 0001 | MTC-00010453
Holmes, Michael | 0002 | MTC-00005740
Holmes, Norma | 0001 | MTC-00023868
Holmes, Thomas | 0001 | MTC-00033856
Holmes, Thomas | 0001 | MTC-00002768
Holmes, Tim | 0001 | MTC-00002033
Holmlund, G.L. | 0001 | MTC-00007664
Holmlund, James | 0001 | MTC-00013691
Holmquist | 0002 | MTC-00031792
Holms, Jennifer | 0002 | MTC-00011463
Hologounis, Anthony | 0001 | MTC-00004547
Holoman, Stuart B. | 0001 | MTC-00032890
Holowaty, Nicholas | 0001 | MTC-00020900
Holron, Jim | 0003 | MTC-00027674
Holsberg, Pete | 0001 | MTC-00011366
HOlshouser, Noel | 0001 | MTC-00024971
Holsinger, Terri | 0001 | MTC-00027303
Holsted, Paul | 0001 | MTC-00011716
Holstein, John | 0001 | MTC-00033345
Holstein, John | 0001 | MTC-00023813
Holston, Marcia | 0001 | MTC-00023505
Holt, Betty | 0002 | MTC-00027045
Holt, Brett | 0001 | MTC-00021194
Holt, Chris | 0001 | MTC-00005554
Holt, Chris | 0001 | MTC-00025044
Holt, Don | 0001 | MTC-00011495
Holt, Fred B. | 0002 | MTC-00004774
Holt, Greg | 0001 | MTC-00023478
Holt, Jason | 0001 | MTC-00000499
Holt, Jason | 0001 | MTC-00019990
Holt, Jeanie | 0001 | MTC-00022731
Holt, Jillian Chamberlain | 0001 | MTC-00030838
Holt, Joy | 0001 | MTC-00025724
Holt, Judson | 0001 | MTC-00015476
Holt, Sean | 0001 | MTC-00013865
Holtje, Christian | 0001 | MTC-00015809
Holtz, Dixie | 0001 | MTC-00031125
Holtz, Timothy | 0001 | MTC-00009500
Holtzinger, Don | 0001 | MTC-00007810
Holtzinger, Don | 0001 | MTC-00030768
Holuk, Conrad | 0001 | MTC-00024547
Holve, Michael | 0002 | MTC-00003736
Holwadel, Paul | 0001 | MTC-00029030
Holwell, Sren | 0001 | MTC-00003124
Holy, Tim | 0001 | MTC-00003141
Holzheu, Alfred | 0001 | MTC-00007752
Holzman, Tom | 0001 | MTC-00007845
Homan, Matt | 0001 | MTC-00015386
Homsher, Dave V. | 0001 | MTC-00015027
Honein, Antoine | 0001 | MTC-00031576
Honeycutt, gary | 0001 | MTC-00015363
Honeycutt, Gaye | 0001 | MTC-00024034
Hong, Danny | 0001 | MTC-00020117
Hong, Joan | 0001 | MTC-00026528
Honhart, jon | 0002 | MTC-00006242
Honsinger, Marian | 0001 | MTC-00003297
Hoo, Elaine | 0001 | MTC-00027343
Hood, Charles | 0001 | MTC-00015076
Hood, Joseph L. | 0001 | MTC-00015421
Hood, Ken | 0001 | MTC-00001053
Hood, Tim | 0001 | MTC-00023489
Hoon, Paul L. | 0001 | MTC-00007220
Hooper, Clay | 0001 | MTC-00006167
Hooper, Ken | 0001 | MTC-00019609
Hooper, Stephen | 0002 | MTC-00017831
Hoopes, Branden | 0001 | MTC-00008097
Hoopman, Chris | 0001 | MTC-00021327
Hoot, Fred | 0001 | MTC-00026604
Hooten, John Robert | 0001 | MTC-00008334
Hooton, Sharon | 0001 | MTC-00015318
Hoots, Bryan | 0001 | MTC-00007064
Hoover, Abigail J. | 0001 | MTC-00027483
Hoover, Frederick | 0002 | MTC-00032462
Hoover, Juanita | 0001 | MTC-00021936
Hoover, Lyle F. | 0001 | MTC-00006070
Hoover, Richard S. | 0001 | MTC-00007356
Hoover, Victor Sr. | 0001 | MTC-00012094
Hope, Janell | 0002 | MTC-00010643
Hopfer | 0002 | MTC-00027637
Hopkins, Jamie | 0001 | MTC-00030034
Hopkins, Kristin | 0002 | MTC-00033671
Hopkins, Rickie | 0001 | MTC-00007522
Hopkins, Stephen | 0002 | MTC-00028692
Hopkins, W.B. Pete | 0002 | MTC-00032148
Hopkins, William H. | 0001 | MTC-00009622
Hopp, Ted | 0001 | MTC-00003276
Hopper, Dave | 0001 | MTC-00024427
Hopper, Justin | 0001 | MTC-00000117
Hopper, Justin | 0001 | MTC-00032246
Hopper, Lester | 0001 | MTC-00009393
Hopper, Lester | 0001 | MTC-00028222
Hopper, William M | 0001 | MTC-00010885
Hopper@ Megalink | 0001 | MTC-00002273
Hopping, Kenneth | 0001 | MTC-00008891
Hopson, David | 0001 | MTC-00022161
Hora, Manohar | 0001 | MTC-00027655
Horakh, Brian | 0002 | MTC-00000912
Horan, Richard F. | 0001 | MTC-00008435
Horan, Thomas | 0001 | MTC-00023411
Horan, William A. | 0001 | MTC-00006723
Horanburg, Chadd | 0001 | MTC-00015147
Hord, George | 0001 | MTC-00010292
Hordinski, Richard | 0001 | MTC-00001871
Horiuchi, Yozo | 0001 | MTC-00026800
Horlacher, Richard | 0001 | MTC-00006496
Horlauder, Stephen | 0001 | MTC-00027349
Horlick, John | 0001 | MTC-00009857
Horn, Bruce | 0001 | MTC-00027051
Horn, Dickie | 0001 | MTC-00009561
Horn, James | 0001 | MTC-00012625
Horn, Jamie | 0001 | MTC-00029891
Horn, Jeffrey | 0001 | MTC-00029279
Horn, Mark | 0001 | MTC-00016267
Hornbeck, Rick | 0041 | MTC-00029414
Horncastle, Brian | 0001 | MTC-00003709
Horne, Bill | 0001 | MTC-00027859
Horne, Christopher | 0001 | MTC-00014694
Horneff, Donald | 0002 | MTC-00032488
Horner, Dinah | 0001 | MTC-00025091
Horner, Lenore | 0002 | MTC-00026227
Horner, Robert | 0001 | MTC-00025850
Horner, Wayne | 0001 | MTC-00020118
Horner, Wesley | 0001 | MTC-00013069
Horner, Wesley | 0001 | MTC-00001193
Horning, Paul | 0001 | MTC-00001300
Hornstein, John | 0003 | MTC-00012910
hornswamp@ yahoo.com | 0001 | MTC-00025205
Hornyak,m Matthew | 0001 | MTC-00017049
Horovitz, Karen | 0001 | MTC-00029389
Horowitz, Ken | 0001 | MTC-00011673
Horowitz, Melvin | 0001 | MTC-00012026
Horowitz, Michael | 0002 | MTC-00027948
Horowitz, Rick | 0001 | MTC-00021027
Horowitz, Steven | 0001 | MTC-00030299
Horras, Andrew | 0001 | MTC-00032892
Horrigan, Matt | 0001 | MTC-00017739
Horrocks, David | 0002 | MTC-00029008
Horrocks, George | 0003 | MTC-00020219
Horrocks, Michael | 0001 | MTC-00003169
Horse, Craig | 0002 | MTC-00003479
Horseman, Claude | 0002 | MTC-00030687
Horsman, Richard | 0001 | MTC-00024117
Horst, Benjamin | 0001 | MTC-00013876
Horstman, Dorothy | 0001 | MTC-00026121
Horstmeier, Bole and Caryl | 0001 | MTC-00032430
Horstmeier, Robert | 0001 | MTC-00012480
Horstmeier, Robert | 0001 | MTC-00009667
Horton, C.G. | 0001 | MTC-00027200
Horton, Christopher Jr. | 0002 | MTC-00028946
Horton, Kenneth J. | 0001 | MTC-00015155
Horton, Mark | 0001 | MTC-00029542
Horvath, Bob | 0001 | MTC-00020142
Horvath, Bob | 0001 | MTC-00023836
Horvath, Yuriko | 0001 | MTC-00016840
Horvatic, John | 0001 | MTC-00001856
Horvatic, John | 0001 | MTC-00010240
Horwitz, Jeremy | 0002 | MTC-00000556
Hosage, John | 0001 | MTC-00016861
Hosford, Keith | 0001 | MTC-00032636
Hoskin, Dan | 0001 | MTC-00001617
Hoskins, William | 0001 | MTC-00029436
Hossack, John A. | 0005 | MTC-00028849
hossward@ bright.net | 0001 | MTC-00010924
Hoster, Chester | 0001 | MTC-00015706
Hostetler, Rhonda | 0001 | MTC-00005822
Hostetler, Ronald and Carol | 0001 | MTC-00030428
Hostetter, Chris | 0001 | MTC-00018098
Hostetter, Sam | 0001 | MTC-00015928
HoTaxLady@ cs.com | 0001 | MTC-00012016
Hotchkiss, Mark | 0005 | MTC-00002576
Hotmail | 0001 | MTC-00004347
Hotmale | 0001 | MTC-00015143
Houchin, J. Scott | 0003 | MTC-00013423
Houchins, Jeffrey | 0001 | MTC-00009524
Houda, Michael | 0001 | MTC-00021581
Houdek, Bob | 0001 | MTC-00007375
Hougen, David | 0001 | MTC-00012312
Hought, Mike | 0002 | MTC-00000062
Hought, Wade | 0001 | MTC-00016472
Houghtaling | 0001 | MTC-00029708
Houghten, Elmer | 0001 | MTC-00006098
Houghton, Adam | 0001 | MTC-00016811
Houghton, Charles | 0001 | MTC-00014289
Houghton, Charles | 0001 | MTC-00001488
Houghton, Christopher | 0001 | MTC-00021048
Hougton, Jon | 0001 | MTC-00006783
Houhanesian, Nancy | 0001 | MTC-00026232
Houk, David | 0001 | MTC-00012164
Houle, Terry | 0001 | MTC-00003646
Houlihan, Andrew | 0001 | MTC-00021055
Houlihan, Kelly P. | 0001 | MTC-00005586
Houlmiere, Edwina and Patrick | 0001 | MTC-00011391
Houlmiere, Edwina and Patrick | 0001 | MTC-00032621
Hounsell, Paul | 0001 | MTC-00019673
Houp, Charles | 0001 | MTC-00002989
House, Alan | 0003 | MTC-00009047
House, C. M. | 0001 | MTC-00006201
House, Mary M. | 0001 | MTC-00024054
House, Michael | 0001 | MTC-00022338
House, Seth | 0001 | MTC-00016808
Householder, Walter | 0002 | MTC-00029823
Housel, Bryan | 0001 | MTC-00017460
Housel, Lester | 0002 | MTC-00027722
Housel, Lester | 0001 | MTC-00013844
housepi@ aol.com | 0001 | MTC-00014677
Houston, Dale | 0001 | MTC-00015357
Houston, James | 0001 | MTC-00028007
Houston, James | 0001 | MTC-00033579
Houston, Jesse | 0001 | MTC-00007974
Houston, Linda | 0001 | MTC-00013676
Houtzer, Alan B. | 0001 | MTC-00001144
Houtzer, Alan R. | 0001 | MTC-00013095
Hoven, Stephen | 0002 | MTC-00030740
Hover, Derek | 0001 | MTC-00003238
Hoverson, Steve | 0001 | MTC-00014473
Hovis, Jack | 0001 | MTC-00006236
Hovis, Jack | 0001 | MTC-00000997
Howama, M. | 0001 | MTC-00014959
Howard and Joan | 0001 | MTC-00021452
Howard, Albert | 0001 | MTC-00008198
Howard, Albert | 0001 | MTC-00019396
Howard, Albert | 0001 | MTC-00001956
Howard, Chris | 0001 | MTC-00016979
Howard, Daniel | 0001 | MTC-00015806
Howard, Dewey | 0002 | MTC-00033662
Howard, Dorothy | 0001 | MTC-00033101
Howard, Ellis | 0002 | MTC-00014106
Howard, James H. | 0001 | MTC-00002153
Howard, Jason | 0002 | MTC-00017985
Howard, Jeffrey S. | 0001 | MTC-00002535
Howard, Jerry | 0001 | MTC-00006222
Howard, Joe | 0001 | MTC-00019539
Howard, Lainie | 0001 | MTC-00026525
Howard, Mark | 0001 | MTC-00014937
Howard, R.W. | 0002 | MTC-00013361
Howard, Robert | 0001 | MTC-00002481
Howard, Ruth | 0002 | MTC-00033090
Howard, Stephen | 0002 | MTC-00032291
Howard, Theodore | 0001 | MTC-00010022
Howard, Theodore | 0001 | MTC-00021535
Howe, Allynn | 0001 | MTC-00011270
Howe, Andy | 0001 | MTC-00006246
Howe, Bud | 0001 | MTC-00011894
Howe, Charleru | 0003 | MTC-00028388
Howe, David | 0001 | MTC-00001076
Howe, Florence | 0001 | MTC-00006756
Howe, John M | 0002 | MTC-00026403
Howe, Ken | 0001 | MTC-00009353
Howe, Richard W. | 0002 | MTC-00017722
Howe, Tom | 0001 | MTC-00028911
Howe, Tommy | 0001 | MTC-00023262
Howell, Charles | 0001 | MTC-00024318
Howell, George | 0002 | MTC-00011573
Howell, John S. | 0002 | MTC-00025642
Howell, Paul | 0001 | MTC-00000709
Howell, Richard | 0001 | MTC-00020678
Howell, William | 0001 | MTC-00026931
Howells, Ken | 0001 | MTC-00025550
Howells, Pete | 0001 | MTC-00020360
Howery, Erle | 0001 | MTC-00022631
Howes, Jeremy | 0003 | MTC-00021196
Howes, Richard | 0001 | MTC-00020452
Howland, Dave | 0001 | MTC-00005423
Howland, Ed | 0002 | MTC-00014847
Howland, Eric | 0001 | MTC-00020156
Howland, Geoff | 0001 | MTC-00020043
Howland, Tom | 0001 | MTC-00018809
howlanhr@ hotmail.com | 0001 | MTC-00015996
Howsden, Mike | 0001 | MTC-00022063
Hoyer, Geoff | 0001 | MTC-00022511
Hoyle, Brad | 0001 | MTC-00015644
Hoyle, Linda Summer | 0001 | MTC-00031227
Hoyle, Michelle | 0001 | MTC-00020579
Hoyme, Jan | 0001 | MTC-00002467
Hoyt, James G. | 0001 | MTC-00023976
Hranac, Rob | 0001 | MTC-00014913
Hromadka, Tony | 0001 | MTC-00024457
Hromas, David | 0001 | MTC-00020712
Hrovat, Dushan D. | 0001 | MTC-00028800
hrtuck@ att.net | 0001 | MTC-00024771
Hruska, Chris | 0001 | MTC-00025913
Hrusovsky, Kathryn | 0001 | MTC-00010044
Hseih, Chhg | 0001 | MTC-00031235
Hsi, Andrew | 0001 | MTC-00014457
Hsieh, Ching | 0001 | MTC-00031133
Hsu, Bill | 0001 | MTC-00024851
Hsu, Che J. | 0001 | MTC-00018658
Hsu, Johnny | 0001 | MTC-00024707
Huang, Edward | 0001 | MTC-00022519
Huang, Hans | 0001 | MTC-00007261
Huang, Hans | 0001 | MTC-00025779
Huard, Dennis | 0001 | MTC-00029195
Hubbard, Bart | 0001 | MTC-00015700
Hubbard, Jerry W. | 0001 | MTC-00023500
Hubbard, Kevin | 0001 | MTC-00002390
Hubbard, Kevin | 0001 | MTC-00014841
Hubbard, Nathan | 0001 | MTC-00019353
Hubbard, Randy | 0001 | MTC-00019934
Hubbard, Violet L. | 0001 | MTC-00027874
Hubbell, Jane | 0001 | MTC-00030363
Hubbell, Richard | 0002 | MTC-00006705
Huber, Blake | 0001 | MTC-00021693
Huber, June | 0001 | MTC-00012080
Huber, Marianne J. | 0001 | MTC-00027414
Huber, Pat | 0001 | MTC-00006596
Huber, Robert | 0001 | MTC-00001440
Hubert, Paul | 0001 | MTC-00026235
Hubert1834@ aol.com | 0001 | MTC-00007128
Hubka, Harvey | 0001 | MTC-00012954
Hubler, Rhonda | 0001 | MTC-00025376
Hubner, Bill | 0001 | MTC-00003833
Hubner, James B. | 0002 | MTC-00015572
Hubscher, Bill | 0001 | MTC-00024326
Huchting, William | 0001 | MTC-00001803
Huck, Antje E. | 0001 | MTC-00007287
Huckabee, Mike | 0002 | MTC-00012716
Huckaby, Mary | 0001 | MTC-00029245
Hucke, Malt | 0001 | MTC-00015393
Hucke, Matt | 0001 | MTC-00024362
Huckestein, Betty J. | 0001 | MTC-00012812
Hudak, Harry | 0001 | MTC-00019375
Huddleston, Annette | 0001 | MTC-00022502
Huddy, Albert | 0002 | MTC-00032477
Hudgins, Chris | 0001 | MTC-00000011
hudginsjettney@ netscape.net | 0001 | MTC-00014542
Hudock, Anna | 0001 | MTC-00030947
Hudsen, Ralph | 0001 | MTC-00002929
Hudson, Bruce | 0001 | MTC-00021778
Hudson, Carole | 0001 | MTC-00007069
Hudson, Jonathan | 0001 | MTC-00001354
Hudson, Keith | 0001 | MTC-00016174
Hudson, Kevin | 0002 | MTC-00028956
Hudson, R Craig | 0002 | MTC-00032273
Hudson, R. Suter | 0002 | MTC-00032923
Hudson, Ralph | 0002 | MTC-00032501
Hudson, Ralph | 0001 | MTC-00011473
Hudson, Ralph | 0001 | MTC-00021449
Hudson, Richard | 0001 | MTC-00029661
Hudson, Roger | 0001 | MTC-00023357
Hudspith, J. Edwin | 0001 | MTC-00030959
Hudyma, David | 0002 | MTC-00030933
Huebert, Jen | 0001 | MTC-00004781
Huelsmann, Charles | 0001 | MTC-00012263
Huenke, Timothy | 0001 | MTC-00026690
Huerta, Jess and Julie | 0001 | MTC-00023051
Huey, George | 0002 | MTC-00021041
Huey, George | 0001 | MTC-00011555
Huey, Kathleen | 0001 | MTC-00006257
Huey, Kathleen | 0001 | MTC-00031278
Huff, Brian | 0001 | MTC-00017669
Huff, Cameron | 0001 | MTC-00000995
Huff, Cameron | 0001 | MTC-00013488
Huff, Harry | 0001 | MTC-00000008
Huff, Julian | 0001 | MTC-00033809
Huff, Polita | 0001 | MTC-00006685
Huff, Tom | 0001 | MTC-00006071
Huffman, Bill | 0001 | MTC-00003747
Huffman, Richard | 0001 | MTC-00017616
Huffman, Tim | 0001 | MTC-00017444
Hugan, Nq | 0001 | MTC-00023995
Huggins, Bill | 0002 | MTC-00002209
Hughes, Ben | 0001 | MTC-00009644
Hughes, Ben | 0001 | MTC-00032429
Hughes, Bill | 0001 | MTC-00023498
Hughes, Bill | 0001 | MTC-00029873
Hughes, Don | 0001 | MTC-00022831
Hughes, Edward | 0001 | MTC-00012440
Hughes, Emily | 0001 | MTC-00028472
Hughes, Eric | 0002 | MTC-00024300
Hughes, John | 0001 | MTC-00006321
Hughes, John | 0001 | MTC-00009314
Hughes, John | 0001 | MTC-00023536
Hughes, John | 0001 | MTC-00029385
Hughes, Joyce | 0002 | MTC-00033000
Hughes, Linda | 0002 | MTC-00032176
Hughes, Marc | 0001 | MTC-00004933
Hughes, Marc | 0001 | MTC-00016826
Hughes, Maria | 0001 | MTC-00023058
Hughes, Ray E. | 0001 | MTC-00012996
Hughes, Roland | 0001 | MTC-00004380
Hughes, Shane | 0001 | MTC-00014213
Hughes, Tom | 0001 | MTC-00020461
Hughey, Jonathan | 0001 | MTC-00011045
Hugo, Don | 0001 | MTC-00016299
Huhn, Kurt | 0001 | MTC-00012883
Hui, Marc | 0001 | MTC-00027839
Hui, Marc | 0001 | MTC-00029767
Hui, shirley | 0001 | MTC-00029766
Hui, Shirley | 0001 | MTC-00029793
hui.wu | 0001 | MTC-00025176
Huie, Marcus | 0001 | MTC-00031562
Huizinga, Gretchen | 0002 | MTC-00029336
Hulbert, Virginia and William | 0001 | MTC-00013538
Hulcher, Stephen | 0001 | MTC-00017851
Hule, M | 0001 | MTC-00025573
Hulegaard, Steffen | 0002 | MTC-00020131
Hull, Joseph | 0001 | MTC-00032855
Hull, Joseph | 0003 | MTC-00001498
Hull, Tom | 0001 | MTC-00027800
Hull, Yvonne | 0001 | MTC-00023337
Hulme, Jackie | 0001 | MTC-00000399
Hulse, Alex | 0001 | MTC-00009723
Hultin, Eric | 0001 | MTC-00014897
Humberson, George | 0001 | MTC-00011872
Humberson, Jeff | 0001 | MTC-00014398
Humble, Brian | 0001 | MTC-00032767
Hume, Barbara | 0001 | MTC-00021097
Hume, Joseph | 0001 | MTC-00019232
Humke, Bill | 0001 | MTC-00028807
Hummel, Jason | 0001 | MTC-00024522
Hummel, Sam | 0001 | MTC-00026033
Hummel, Valerie R. | 0001 | MTC-00008346
Hummelfork, Herb | 0001 | MTC-00008950
Hummell, Steven | 0001 | MTC-00001054
Humphewya, Silas | 0001 | MTC-00020222
Humphrey, Dick | 0001 | MTC-00027237
Humphrey, Dick | 0001 | MTC-00006948
Humphrey, Robert J. | 0001 | MTC-00009242
Humphrey, Thomas | 0001 | MTC-00018424
Humphreys, Ethelmae | 0001 | MTC-00032811
Humphreys, J. Eric | 0002 | MTC-00026530
Humphries, Dan | 0001 | MTC-00003492
Humphries, Ken | 0002 | MTC-00023360
Huna, Emmanuel | 0003 | MTC-00000600
Hundley, Landon | 0001 | MTC-00014116
Hundley, Nancy | 0001 | MTC-00013505
Hundley, Virginia | 0001 | MTC-00031518
Hundstad, Jim | 0001 | MTC-00030043
Huninghake, James | 0001 | MTC-00026633
Hunnefield, Charles | 0001 | MTC-00016483
Hunnel, Walter | 0001 | MTC-00018848
Hunnicutt, William | 0001 | MTC-00030408
Hunold, Alex | 0001 | MTC-00009800
Hunt, Bill | 0001 | MTC-00002762
Hunt, Charlie | 0002 | MTC-00024364
Hunt, David | 0001 | MTC-00032986
Hunt, David | 0001 | MTC-00013405
Hunt, John | 0001 | MTC-00002693
Hunt, John | 0001 | MTC-00028524
Hunt, John | 0001 | MTC-00031852
Hunt, Karen | 0001 | MTC-00010592
Hunt, Klara | 0001 | MTC-00010883
Hunt, Krystle | 0001 | MTC-00013492
Hunt, Phil | 0001 | MTC-00019450
Hunt, Steve | 0001 | MTC-00009380
Hunt, Tad | 0001 | MTC-00018468
Hunt, Thomas | 0001 | MTC-00015437
Hunt, William C. | 0002 | MTC-00021265
hunt4Him@ aol.com | 0001 | MTC-00028196
Hunter A3 | 0001 | MTC-00003776
Hunter L. | 0001 | MTC-00010969
Hunter, Ted | 0001 | MTC-00017751
Hunter, Christopher | 0001 | MTC-00015205
Hunter, Dave | 0001 | MTC-00004091
Hunter, Graham | 0001 | MTC-00024445
Hunter, Jeffrey | 0001 | MTC-00002348
Hunter, Kendall S. | 0003 | MTC-00018242
Hunter, Koleta | 0001 | MTC-00023633
Hunter, Marsha | 0001 | MTC-00005297
Hunter, Matthew | 0004 | MTC-00003437
Hunter, Mike | 0001 | MTC-00015419
Hunter, Ross | 0001 | MTC-00007134
Hunter, Stan | 0001 | MTC-00017635
Huntley, Haydn | 0002 | MTC-00023873
Huntsman, David | 0001 | MTC-00024861
Huott, Ed | 0001 | MTC-00018021
Hupp, Arthur | 0001 | MTC-00009713
Hupp, Arthur | 0001 | MTC-00032432
Hupp, Lillian | 0001 | MTC-00020814
Hurd, Herbert | 0001 | MTC-00008535
Hurd, Jim | 0001 | MTC-00015179
Hurd, Judy | 0001 | MTC-00010016
Hurd, Michael | 0001 | MTC-00020078
Hurd, Michael J. | 0001 | MTC-00026860
Hurd, Rich | 0001 | MTC-00004383
Hurd, Rich | 0001 | MTC-00004384
Hurdelbrink, Jesika | 0001 | MTC-00005298
Hurlburt, Karin | 0001 | MTC-00023706
Hurley, Chad | 0001 | MTC-00016135
Hurley, Robert B. | 0001 | MTC-00006878
Hurley, Sean | 0001 | MTC-00000586
Hurst, Dow | 0001 | MTC-00028379
Hurst, James R. | 0001 | MTC-00005645
Hurst, Jeff | 0001 | MTC-00019628
Hurst, Jim | 0001 | MTC-00011488
Hurst, Jim | 0003 | MTC-00021148
Hurst, Paul E. | 0001 | MTC-00014042
Hurt, Billy | 0001 | MTC-00005792
Hurt, Billy G. | 0002 | MTC-00031580
Hurta, Donald | 0001 | MTC-00025497
Hurty, Mark | 0003 | MTC-00001792
Hurty, Mark | 0001 | MTC-00004303
Husa84757@ aol. com | 0001 | MTC-00021816
Husan, Margaret and John | 0001 | MTC-00026818
Husick, Lawrence | 0002 | MTC-00028486
Huskins, Cynthia | 0001 | MTC-00009449
Husley, Connie D. | 0001 | MTC-00009956
Huspek, James | 0001 | MTC-00012212
Hussain, Imad | 0002 | MTC-00015060
Hussain, Imad | 0002 | MTC-00015538
Hussar, Christopher | 0001 | MTC-00012497
Hussar, John | 0001 | MTC-00019612
Hussey, Dennis J. | 0002 | MTC-00002170
Hussey, Diane | 0001 | MTC-00020957
Hussey, John | 0001 | MTC-00020412
Hussmann, James | 0001 | MTC-00032637
Huston, David | 0001 | MTC-00029454
Huston, Gerrit Christine | 0002 | MTC-00005188
Huston, Judith | 0002 | MTC-00033669
Husty, Steve | 0001 | MTC-00015758
Hutcheson, Meagan | 0002 | MTC-00032308
Hutchins, Lisa | 0002 | MTC-00032327
Hutchins, Thomas | 0001 | MTC-00001586
Hutchins, William R. | 0002 | MTC-00033385
Hutchinson | 0001 | MTC-00005751
Hutchinson, Brandon | 0001 | MTC-00002809
Hutchinson, Casey | 0001 | MTC-00022601
Hutchinson, Lonnie | 0001 | MTC-00024089
Hutchinson, Melvia | 0001 | MTC-00031716
Hutchinson, Michael J. | 0001 | MTC-00009068
Hutchinson, Mickael J. | 0001 | MTC-00013616
Hutchinson, Rose | 0001 | MTC-00009328
Hutchinson, Todd | 0001 | MTC-00019493
Hutchison, Chris | 0001 | MTC-00018060
Hutchison, Connie | 0001 | MTC-00008100
Hutchison, Harold | 0002 | MTC-00026706
Hutchison, Jon | 0001 | MTC-00027574
Hutchison, Lon | 0001 | MTC-00001291
Hutchison, Richard C. | 0001 | MTC-00015180
Huth, Cornel | 0001 | MTC-00019482
Huth, William | 0002 | MTC-00033301
Hutnick, Peter | 0002 | MTC-00017672
Hutson, Bill | 0001 | MTC-00020618
Hutson, Bill | 0001 | MTC-00023589
Hutson, Ronald | 0001 | MTC-00032832
Hutson, Thomas | 0001 | MTC-00020702
Hutton, Alexander | 0002 | MTC-00004748
Hutton, Rob | 0002 | MTC-00022540
Huuk, Leslie | 0001 | MTC-00015888
Huvane, Thomas | 0002 | MTC-00033271
Huwaldt, Joe | 0003 | MTC-00004162
Huxauble, Ron | 0001 | MTC-00005727
Huxley, Iain | 0001 | MTC-00024724
Huygens, Clarence and Joann | 0001 | MTC-00001157
Huysing, Peter | 0001 | MTC-00022416
hv3@ smartconnect.ent | 0001 | MTC-00011410
Hvilsted, Jan | 0001 | MTC-00024374
hwitbera@ hotmail.com | 0001 | MTC-00010455
Hyan496de@ aol.com | 0001 | MTC-00012600
Hyatt, Andrew | 0001 | MTC-00017028
Hyatt, Bruce | 0001 | MTC-00003146
Hyatt, Glenn | 0001 | MTC-00011626
Hyde, Charlie | 0001 | MTC-00006407
Hyde, Stewart | 0001 | MTC-00021938
Hyland, Bob | 0001 | MTC-00002909
Hyland, John | 0001 | MTC-00026283
Hyland, Robert | 0002 | MTC-00015781
Hyland, Ron and James | 0001 | MTC-00027282
Hyler, Buck | 0001 | MTC-00005581
Hymes, William | 0001 | MTC-00030913
Hynds, Patrick | 0001 | MTC-00020754
Hynes, John M. | 0002 | MTC-00004720
Hynes, Robert J. | 0001 | MTC-00008685
Hysom, Stuart | 0002 | MTC-00027624
Hyster, David | 0002 | MTC-00031667
Hzfeez, Sean | 0001 | MTC-00017139
I Am The Only Glare | 0001 | MTC-00000024
Iacono, Joseph | 0001 | MTC-00013402
Iacovino, Frank | 0004 | MTC-00018592
Iacullo, Rob | 0001 | MTC-00019512
Iadonisi, paul | 0001 | MTC-00027071
Ian | 0001 | MTC-00015465
Ian, Ken | 0001 | MTC-00021907
Ian, Ken | 0001 | MTC-00003172
Iaquinta, Larry | 0001 | MTC-00016758
Iatesta, Anthony | 0001 | MTC-00030954
Ibbotson, Richard | 0001 | MTC-00018212
Ibrahim, Isif | 0001 | MTC-00000362
Ibrakes | 0001 | MTC-00026119
Ibsen, Lee D. | 0001 | MTC-00025883
Ice, Heath C. | 0001 | MTC-00015309
Ice, Philip | 0002 | MTC-00031030
iceola@ atstrans.com | 0001 | MTC-00017237
Ickes, Michael | 0001 | MTC-00022808
ICutter@ aol.com | 0001 | MTC-00012144
ICutter@ aol.com | 0001 | MTC-00012181
idealist—@ hotmail.com | 0001 | MTC-00024832
Idem, Charlie E. | 0001 | MTC-00020355
Idiot, Iman | 0001 | MTC-00024332
Ienatsch, N. | 0001 | MTC-00018183
Igla, Karen | 0001 | MTC-00020011
Iglecias, Abel | 0002 | MTC-00029739
Iglesias, Gonzalo H. | 0001 | MTC-00031780
Ignasiak, Todd | 0001 | MTC-00000141
Igoe, James | 0001 | MTC-00030744
Ike | 0001 | MTC-00005830
Ike, Joe | 0001 | MTC-00029844
Ike, Joe G. | 0003 | MTC-00028394
Ike, Larry | 0001 | MTC-00029828
Iksrazal, Trebor | 0002 | MTC-00009749
Ilburian@ crosslink.com | 0001 | MTC-00012724
Iler, Pat | 0001 | MTC-00029402
Ilgen, Paul | 0001 | MTC-00028526
Illari, Katrina | 0002 | MTC-00026388
Illari, Katrina | 0003 | MTC-00027125
Illback, Jim | 0001 | MTC-00009437
Illyefalui, Kalman and Phyllis | 0001 | MTC-00026454
Ilovitz, Mayer | 0005 | MTC-00027022
ILPI Support Team | 0002 | MTC-00001814
Imam, Najati | 0001 | MTC-00018033
Imaxxx@ aol.com | 0001 | MTC-00007066
Imenez, Erlin | 0001 | MTC-00011212
Imfnh@ worldpath.net | 0001 | MTC-00011294
immbfd@ gwumc.edu | 0001 | MTC-00028150
Immordino, Sam | 0001 | MTC-00015636
Imperi, David | 0001 | MTC-00013503
Imperial, John J. | 0001 | MTC-00007394
Impey, William | 0001 | MTC-00007188
Impola, Paul | 0001 | MTC-00018758
Imrie, Russell F. | 0001 | MTC-00032307
Imroscoe | 0001 | MTC-00004034
Imshenetskiy, Vlad | 0001 | MTC-00018035
imzadi32@ hotmail.com | 0001 | MTC-00014664
Incantalupo, Louis | 0001 | MTC-00007183
inetnow@ hotmail.com | 0001 | MTC-00025480
inetnow@ hotmail.com | 0001 | MTC-00025479
inezi@ aol.com | 0001 | MTC-00026348
Infield, Marc | 0001 | MTC-00002840
info@ transndigital.com | 0001 | MTC-00011412
Infortunio, Fred | 0001 | MTC-00005760
Ingalls, David R. | 0001 | MTC-00011623
Ingannamorte, Stefan | 0001 | MTC-00008397
Ingargiola, Anthony | 0001 | MTC-00015981
Ingersoll, Abraham | 0001 | MTC-00017839
Ingham, Richard | 0001 | MTC-00005984
Ingham, William | 0001 | MTC-00030982
Ingleby, Adam | 0001 | MTC-00023124
Ingles, Raymond | 0001 | MTC-00018050
Ingrafra, Joseph | 0001 | MTC-00024950
Ingram, Charles T. | 0001 | MTC-00000705
Ingram, Eric | 0001 | MTC-00017301
Ingram, F N | 0001 | MTC-00024486
Ingram, Lillian | 0001 | MTC-00012018
Ingram, Lillian and Ralph | 0001 | MTC-00006943
Ingram, Michelle | 0001 | MTC-00023737
Ingram, Stephen | 0002 | MTC-00002755
Ingstrand, Jacob | 0001 | MTC-00001427
Ingulsrud, Joel | 0001 | MTC-00000074
Ingulsrud, Joel | 0001 | MTC-00013486
Inman, Mike | 0001 | MTC-00009133
Inness-Brown, Hugh | 0001 | MTC-00029317
Innis, Eric | 0003 | MTC-00027176
Innocenti, Lee | 0001 | MTC-00009017
innthymetwcny.rr.com | 0001 | MTC-00028231
Insaf, Shabana | 0001 | MTC-00027019
Insert random name here | 0002 | MTC-00020210
Insigna, Aron K. | 0001 | MTC-00019912
Insinger, Merle | 0001 | MTC-00027305
Insko, Patrick | 0003 | MTC-00025629
Int-Hout, Rodney | 0002 | MTC-00033309
Intagliator | 0001 | MTC-00008893
intcon@ harbornet.com | 0001 | MTC-00010395
Interior, Casper | 0002 | MTC-00030776
Ioffe, Edward | 0001 | MTC-00020296
IOFZ@ aol.com | 0002 | MTC-00005573
Iossa, Carol | 0002 | MTC-00032181
Iossa, Carol | 0002 | MTC-00032479
Ip, Kar | 0001 | MTC-00006173
Ippoliti, Marianne | 0001 | MTC-00025937
Ippolito, Domenic | 0001 | MTC-00017550
Ira | 0001 | MTC-00010190
Irby, Janie | 0002 | MTC-00032271
Ireland, Mike | 0001 | MTC-00002318
Irish, Dennis | 0002 | MTC-00030981
Irish, Dudley | 0001 | MTC-00022504
Irlando, Gianina | 0002 | MTC-00030951
Irle, Mark | 0002 | MTC-00022635
Irons, Nathaniel | 0001 | MTC-00002261
Irvin, Mary and Jim | 0001 | MTC-00027026
Irvine, David | 0001 | MTC-00001615
Irvine, Rich | 0001 | MTC-00015854
Irvine, Robert | 0001 | MTC-00007172
Irvine-Broque, Brendan | 0001 | MTC-00014024
Irving, Brian | 0001 | MTC-00032699
Irving, Jim | 0001 | MTC-00002803
Irwin, Bonnie L. | 0001 | MTC-00008897
Irwin, Eric | 0001 | MTC-00022174
Irwin, Jason | 0001 | MTC-00028359
Irwin, Marty | 0002 | MTC-00028420
Irwin, Marty | 0001 | MTC-00030140
Isaacs, Fred | 0001 | MTC-00018540
Isaacs, George | 0001 | MTC-00012241
Isaak, Patricia | 0001 | MTC-00012295
Isabella, Theodore A. | 0003 | MTC-00021198
Isard, Stephen | 0002 | MTC-00027642
isawing@ yahoo.com | 0001 | MTC-00028608
Isbell, Art | 0001 | MTC-00001912
Isburgh, Peter | 0001 | MTC-00013931
ischade@ mindspring.com | 0001 | MTC-00011137
Ischilda, Casey | 0001 | MTC-00001510
Ischinger, Kathryn | 0001 | MTC-00006067
Isenberg, David | 0001 | MTC-00020666
Isenberg, Ed and Helen | 0002 | MTC-00000385
Isenberger, Dean | 0001 | MTC-00012375
Isham, Jerome | 0001 | MTC-00029323
Isharvi@ attglobal.net | 0002 | MTC-00014345
Isharvi@ attglobal.net | 0001 | MTC-00014344
Ishimi, Leslie | 0001 | MTC-00008624
Ishmael, M.J. | 0001 | MTC-00015951
Ishtar, Tristan | 0001 | MTC-00004461
isiinv@ charter.net | 0001 | MTC-00014509
Islam, Faisal | 0001 | MTC-00002010
Islam, Faisal | 0001 | MTC-00020133
Islam, Faisal | 0001 | MTC-00023661
Isley, Richard | 0001 | MTC-00009465
Isley, Robert Arnold | 0002 | MTC-00032503
Ismail, Pierre | 0001 | MTC-00018347
Isom, Lynne | 0001 | MTC-00022397
Israel, Larry | 0001 | MTC-00026627
Israel, Onalee | 0001 | MTC-00006546
Israel, Walter | 0001 | MTC-00031789
itchell, Randolph | 0001 | MTC-00027543
itremblay@ msn.com | 0001 | MTC-00028098
Ittner, Andrew | 0001 | MTC-00020084
Itty, Sujit | 0001 | MTC-00014148
Iva, Curtis | 0001 | MTC-00009179
Ivanov, Ivan | 0001 | MTC-00009722
Iveathers, Doug | 0001 | MTC-00016740
Ivers, Eric | 0001 | MTC-00032823
Ivers, Henry | 0001 | MTC-00031743
Ivers, Rory | 0001 | MTC-00003386
Iverson, Richard | 0002 | MTC-00010634
Iverson, Stewart | 0001 | MTC-00030254
Ives, Arthur | 0002 | MTC-00033321
Ivey, Delbert G. | 0001 | MTC-00025764
Ivey, Russell | 0001 | MTC-00009556
iveycrft@ bellsouth.net | 0001 | MTC-00017321
Ivie, Charles | 0001 | MTC-00011306
Ivie, Pat | 0001 | MTC-00025566
Ivory, John | 0001 | MTC-00016980
ivoryf@ cut.net | 0002 | MTC-00028055
Ivy, Brennan | 0001 | MTC-00023301
Ivy, Joan | 0002 | MTC-00031943
Iwalup@ aol.com | 0001 | MTC-00012418
Iyad, Abbas | 0001 | MTC-00003208
Izzo, Robert | 0002 | MTC-00026406
J P W Consulting | 0001 | MTC-00005112
J., Pat | 0001 | MTC-00015086
jabathomp@ aol.com | 0001 | MTC-00011325
Jabbar, Abdul | 0001 | MTC-00000075
Jaber, David | 0001 | MTC-00027047
Jabien | 0001 | MTC-00012811
Jablinske, Anne E. | 0001 | MTC-00004153
Jablinske, Anne E. | 0002 | MTC-00000432
Jabloski, John | 0001 | MTC-00015187
jaccort@ mercury.uwe.ac.uk | 0001 | MTC-00020623
jacekos | 0001 | MTC-00021375
Jachens, Albert M. | 0001 | MTC-00029379
Jack | 0001 | MTC-00000578
Jack K. | 0001 | MTC-00014507
Jack, Daniel | 0002 | MTC-00027828
Jack, Gretchen | 0001 | MTC-00031612
Jack, Jack | 0001 | MTC-00025623
Jack, Jack | 0001 | MTC-00025622
Jack, Jeremey C. | 0001 | MTC-00024750
Jack, Scott | 0001 | MTC-00024028
Jack3108 | 0001 | MTC-00005220
jack@ muhlenkamp.com | 0001 | MTC-00011446
jackchro | 0001 | MTC-00026684
Jackfrew@ aol.com | 0001 | MTC-00026027
jackhhl | 0001 | MTC-00025195
JackieVan@ aol.com | 0001 | MTC-00013759
Jackman, Ann Porter | 0001 | MTC-00030339
jackmilazzo@ att.net | 0001 | MTC-00005857
Jacksen, Annie | 0001 | MTC-00008536
Jackson, Ann | 0001 | MTC-00011649
Jackson, Bob | 0001 | MTC-00009632
Jackson, Brad | 0004 | MTC-00027083
Jackson, Brian | 0001 | MTC-00001834
Jackson, Bruce | 0001 | MTC-00006083
Jackson, Catherine | 0001 | MTC-00022097
Jackson, Chris | 0002 | MTC-00017325
Jackson, Chris | 0001 | MTC-00021179
Jackson, Dane | 0002 | MTC-00025561
Jackson, David | 0002 | MTC-00005059
Jackson, David S. | 0001 | MTC-00021504
Jackson, Gina | 0001 | MTC-00012317
Jackson, Helga | 0001 | MTC-00011800
Jackson, Helga | 0001 | MTC-00005073
Jackson, James | 0001 | MTC-00020753
Jackson, Jason | 0001 | MTC-00003782
Jackson, John | 0001 | MTC-00028553
Jackson, Josh | 0001 | MTC-00019282
Jackson, Karl H. | 0001 | MTC-00019806
Jackson, Linda | 0001 | MTC-00005500
Jackson, Mark | 0001 | MTC-00016392
Jackson, Mike | 0001 | MTC-00013899
Jackson, Richard | 0001 | MTC-00005639
Jackson, Robert | 0001 | MTC-00021867
Jackson, Robert | 0002 | MTC-00033035
Jackson, Roscoe | 0001 | MTC-00007587
Jackson, Roscoe | 0001 | MTC-00023666
Jackson, Stephanie | 0001 | MTC-00014150
Jackson, Trey | 0001 | MTC-00018401
Jackson, W R Jr. | 0001 | MTC-00029032
Jackson, Walt | 0001 | MTC-00025664
Jackson, WR Jr. | 0001 | MTC-00012290
Jacob, Arthur | 0001 | MTC-00008622
Jacob, Bruce | 0017 | MTC-00002665
Jacob, Mark | 0001 | MTC-00016954
Jacob, Stephan | 0001 | MTC-00008843
Jacobs, Ben | 0001 | MTC-00019003
Jacobs, Dan | 0001 | MTC-00026336
Jacobs, Dave | 0003 | MTC-00010188
Jacobs, Elizabeth | 0001 | MTC-00025222
Jacobs, Jeanne | 0001 | MTC-00006360
Jacobs, Jeanne | 0001 | MTC-00006343
Jacobs, Jeanne | 0001 | MTC-00026238
Jacobs, Jeff | 0002 | MTC-00017192
Jacobs, Jeffrey | 0001 | MTC-00026636
Jacobs, John | 0002 | MTC-00003284
Jacobs, John | 0002 | MTC-00004330
Jacobs, Jonathan | 0001 | MTC-00014241
Jacobs, Judith F. | 0001 | MTC-00010771
Jacobs, L. E. | 0001 | MTC-00008135
Jacobs, Lloyd D. | 0001 | MTC-00029315
Jacobs, Robert | 0002 | MTC-00015839
Jacobs, Scott | 0001 | MTC-00003026
Jacobs, Shannon | 0001 | MTC-00001355
Jacobs, Steve | 0002 | MTC-00022793
Jacobs, Troy L. | 0002 | MTC-00001021
Jacobsen, Curt | 0001 | MTC-00019972
Jacobsen, Roseanne | 0001 | MTC-00021849
Jacobsen, Sally | 0001 | MTC-00006702
Jacobsen, Sarah E. | 0001 | MTC-00031986
Jacobsne, John | 0001 | MTC-00016084
Jacobson, David | 0001 | MTC-00012275
Jacobson, Lowell | 0002 | MTC-00007417
Jacobson, Steve | 0001 | MTC-00000456
Jacoby, David | 0001 | MTC-00016964
Jacques, Alex | 0002 | MTC-00022739
Jacques, David | 0001 | MTC-00015520
Jacquet, Michael | 0001 | MTC-00005135
Jacquez, Al | 0001 | MTC-00024340
Jadeed, Mark | 0001 | MTC-00008374
Jaeb, Lorena | 0001 | MTC-00031435
jaeger@ oakharbor.net | 0001 | MTC-00017297
Jaeggli, Ralph G. | 0001 | MTC-00023300
Jaehrling, Michael | 0001 | MTC-00027086
Jaehrling, Michael | 0002 | MTC-00028984
Jaffa, Scott | 0001 | MTC-00020347
Jaffe, Charles | 0001 | MTC-00005531
Jaffe, Frank | 0003 | MTC-00015258
Jagarapu, Ravi | 0001 | MTC-00029810
Jaggi, Owie | 0002 | MTC-00009029
Jahn, Jeremiah | 0001 | MTC-00016710
Jain, Amit | 0001 | MTC-00004836
JakeP@ Prodigy.net | 0001 | MTC-00000026
Jalot, Tresa | 0001 | MTC-00029843
Jalot, Tresa | 0001 | MTC-00030054
jalsardl@ 1x.netrom.com | 0001 | MTC-00014313
jalsardl@ ix.netcom.com | 0001 | MTC-00012740
James | 0001 | MTC-00016895
James | 0001 | MTC-00001947
James | 0001 | MTC-00020006
James Powell | 0003 | MTC-00019735
James, Andrew | 0001 | MTC-00016988
James, Brett | 0001 | MTC-00014780
James, Carolyn and Richard | 0001 | MTC-00027160
James, Dal | 0001 | MTC-00008019
James, Dwight and Nancy | 0001 | MTC-00008406
James, Ernie | 0001 | MTC-00007442
James, Garrick | 0003 | MTC-00016738
James, Geoffrey | 0001 | MTC-00031527
James, Heather | 0002 | MTC-00015329
James, Henry | 0001 | MTC-00029867
James, Jeffrey | 0001 | MTC-00032770
James, Johnathan | 0001 | MTC-00018174
James, Joseph | 0001 | MTC-00021811
James, Kelly | 0001 | MTC-00030761
James, Laurel | 0001 | MTC-00012004
James, Laurel | 0001 | MTC-00002740
James, Laurel | 0002 | MTC-00028215
James, Louis | 0002 | MTC-00029951
James, Lucille | 0001 | MTC-00031948
James, Michael G. | 0001 | MTC-00013709
James, Michael R. | 0002 | MTC-00025785
James, Trudy | 0001 | MTC-00020933
James, Vladimir | 0001 | MTC-00002135
James, William | 0001 | MTC-00024052
jamesa@ cashco.com | 0001 | MTC-00022001
Jamesc@ phoenixhitec.com | 0001 | MTC-00024807
Jameson, George | 0002 | MTC-00033303
JamesWhatley@ msn.com | 0001 | MTC-00026816
Jamie | 0001 | MTC-00007549
Jamie | 0001 | MTC-00014941
Jamieson, Douglas | 0001 | MTC-00013037
JAMIKESEG@ aol.com | 0001 | MTC-00013395
Jamison, Brian | 0002 | MTC-00000561
Jamison, David | 0001 | MTC-00031325
Jamison, Karol | 0002 | MTC-00020255
jana30@ ameritech.net | 0001 | MTC-00028595
Janasiewicz, Stanley | 0001 | MTC-00025830
janatmsn@ msn.com | 0001 | MTC-00021982
Janda, Debbie | 0001 | MTC-00022538
Jane, Edmond | 0001 | MTC-00019777
Janemanni@ aol.com | 0001 | MTC-00009864
JanH1999@ aol.com | 0001 | MTC-00008432
Janice | 0001 | MTC-00013905
JanieKemp@ aol.com | 0001 | MTC-00007403
Janisch, Tyler | 0001 | MTC-00033681
Jann, Robert | 0001 | MTC-00008827
Janne, Dave | 0001 | MTC-00006815
Janne, Dave | 0001 | MTC-00028551
Janofsky, Tom | 0001 | MTC-00015630
Jansen | 0001 | MTC-00023808
Jansen, Ben | 0001 | MTC-00023164
Jansen, Dan | 0001 | MTC-00022637
Jansen, David | 0002 | MTC-00013142
Jansen, Dorothy | 0002 | MTC-00033510
Jansen, Jamie | 0002 | MTC-00010055
Janssen, Sondra | 0001 | MTC-00003469
Janssn, Mikael | 0002 | MTC-00014029
Jansson, Peter M. | 0001 | MTC-00021864
Jantho, Charles | 0001 | MTC-00012125
Jantho, Charles | 0001 | MTC-00012069
Jantz, Barry | 0001 | MTC-00031615
Jantz, Clifford | 0001 | MTC-00032608
Jantzen, David | 0001 | MTC-00024053
jap@ ssitech.com | 0001 | MTC-00021971
Jaqesysh, Andy | 0001 | MTC-00017748
Jaran, Daniel | 0001 | MTC-00025730
jarden, Michael | 0001 | MTC-00001372
Jaredh@ att.net | 0002 | MTC-00000452
Jaremka, James | 0001 | MTC-00027977
Jarmax, Bob | 0001 | MTC-00020057
Jarnett, Fred | 0001 | MTC-00012735
Jarobson, Marc S. | 0001 | MTC-00026128
Jaroski, Mark | 0001 | MTC-00014944
Jarrard, Jeff | 0001 | MTC-00029382
Jarrard, Margaret | 0001 | MTC-00011290
Jarrard, Nancy | 0001 | MTC-00026098
Jarrell, Joe | 0001 | MTC-00000694
Jarrell, Randall | 0001 | MTC-00009348
Jarrell, Randall | 0001 | MTC-00031391
Jarrett, Shawn | 0002 | MTC-00010164
Jarvis, John | 0001 | MTC-00017461
Jarvis, Kenneth | 0001 | MTC-00000004
Jarvis, Steve | 0001 | MTC-00002944
Jarzynski, Darek | 0001 | MTC-00008990
Jarzynski, Darek | 0001 | MTC-00032387
jasjmtch@ ix.netcom.com | 0001 | MTC-00014672
Jason | 0001 | MTC-00005211
Jason | 0001 | MTC-00026443
Jason | 0001 | MTC-00022822
Jason C. Penney | 0001 | MTC-00015327
Jasper, J | 0001 | MTC-00027820
Jasper, Paul | 0002 | MTC-00005424
Jasper, Rich | 0002 | MTC-00030421
Jast, Jennie | 0001 | MTC-00006752
Jaszewski, Michael | 0001 | MTC-00011685
Jauadi, Massoud | 0002 | MTC-00010409
jauregui1@ prodigy.net | 0001 | MTC-00011119
Javett, John K. | 0001 | MTC-00031417
Javi, Trent | 0001 | MTC-00014953
Javid, David | 0001 | MTC-00004626
Jawahan, Mundlapati | 0002 | MTC-00032435
Jaworski, James | 0002 | MTC-00017827
Jay, Jeff | 0001 | MTC-00001281
Jay, Jeff | 0001 | MTC-00013368
Jay, Joe E. | 0001 | MTC-00026496
jay@ comter.com | 0001 | MTC-00008018
Jayjack, Edward | 0002 | MTC-00033062
jayjcarter@ aol.com | 0001 | MTC-00021972
Jaynes, Richard K. | 0001 | MTC-00025146
jayreitz@ hotmail.com | 0001 | MTC-00025100
Jazupkow | 0001 | MTC-00026132
Jazz, Hugh | 0001 | MTC-00003723
JB | 0002 | MTC-00019103
JbannRetdc@ aol.com | 0001 | MTC-00014686
jbareuther@ aol.com | 0001 | MTC-00008949
jblack000@ yahoo.com | 0001 | MTC-00028619
jblack000@ yahoo.com | 0001 | MTC-00021347
jbrcher@ kurvesystems.com | 0001 | MTC-00014371
JC | 0001 | MTC-00025708
Jcbogg@ aol.com | 0001 | MTC-00012528
JCDMort@ aol.com | 0001 | MTC-00007653
jcelic2@ home.com | 0001 | MTC-00016045
JCH312@ aol.com | 0001 | MTC-00007401
JCockman12@ aol.com | 0001 | MTC-00007943
jcowert@ hotmail.com | 0001 | MTC-00028649
jcromie@ divsol.com | 0001 | MTC-00002689
jcromie@ divsol.com | 0001 | MTC-00003011
jczalog@ silverdollarcity.com | 0001 | MTC-00011303
jdenney@ scisys.net | 0001 | MTC-00013819
jdhuling@ aol.com | 0001 | MTC-00001123
jdoresl228@ aol.com | 0001 | MTC-00026433
JDR | 0001 | MTC-00011295
jduffy@ may.com | 0001 | MTC-00013837
jdunik@ simplexgroup.com | 0001 | MTC-00010332
Jeanette | 0001 | MTC-00008533
jeanmiyake@ msn.com | 0001 | MTC-00013823
Jeanmougin, Ronald | 0001 | MTC-00001084
Jeannet, Anna | 0001 | MTC-00008540
JeannetteWilson@ aol.com | 0001 | MTC-00008240
JEastin4@ aol.com | 0001 | MTC-00006950
Jeavons, Andrew | 0001 | MTC-00015064
Jedlicka, Timothy | 0002 | MTC-00019875
jeebus | 0004 | MTC-00017057
jeel@ aol.com | 0001 | MTC-00028463
Jef | 0001 | MTC-00016428
Jeff | 0002 | MTC-00033188
Jeff | 0002 | MTC-00013641
jeffat@ carolina.rr.com | 0001 | MTC-00010370
Jefferies, Chris | 0003 | MTC-00017377
Jeffers, Marion & Gregory | 0001 | MTC-00030161
jeffnjohn@ starpower.net | 0001 | MTC-00015988
Jeffo, El | 0001 | MTC-00014878
Jeffress, Bob and Rosalie | 0001 | MTC-00005809
Jeffrey, Johan | 0001 | MTC-00002306
Jeffries | 0001 | MTC-00011617
Jeffries, Bruce | 0001 | MTC-00015204
Jeffries, Jason | 0001 | MTC-00000832
Jegottka, Alex | 0001 | MTC-00021398
Jelagin, Andy | 0001 | MTC-00004440
Jelinski, Ben | 0001 | MTC-00033273
Jellinek, Abe | 0001 | MTC-00013127
Jellinek, Abe | 0001 | MTC-00001723
Jellison, Rita | 0001 | MTC-00012816
Jelmer | 0001 | MTC-00001163
Jemison, William | 0002 | MTC-00033295
Jen | 0001 | MTC-00019107
Jencks, Steve | 0001 | MTC-00001578
Jendersee, Terry | 0001 | MTC-00025851
Jeness, Cynthia | 0001 | MTC-00013324
Jenkel, Robert and Joyce | 0001 | MTC-00023579
Jenkel, Robert L. | 0001 | MTC-00029358
Jenkins, Adam | 0001 | MTC-00010762
Jenkins, Adam | 0001 | MTC-00018013
Jenkins, Bill | 0001 | MTC-00022836
Jenkins, Catherine | 0001 | MTC-00024994
Jenkins, Charles | 0001 | MTC-00012635
Jenkins, Charles | 0004 | MTC-00030639
Jenkins, Dan | 0002 | MTC-00027804
Jenkins, Everett D. | 0001 | MTC-00012501
Jenkins, Jack | 0001 | MTC-00027489
Jenkins, Jack | 0001 | MTC-00033555
Jenkins, James | 0001 | MTC-00010099
Jenkins, Jeff | 0001 | MTC-00018007
Jenkins, Kathleen | 0001 | MTC-00012124
Jenkins, Randy | 0001 | MTC-00016881
Jenkins, Rick | 0002 | MTC-00002653
Jenkins, Ron | 0001 | MTC-00005154
Jenkins, Stewart | 0002 | MTC-00025056
Jenks, Melissa | 0001 | MTC-00013636
Jenkunk@ mac.com | 0001 | MTC-00024824
Jenner, Charles | 0001 | MTC-00007755
Jenness, Earl | 0002 | MTC-00027356
Jennewein, Douglas M. | 0001 | MTC-00016909
Jennings, Becky | 0001 | MTC-00012570
Jennings, Blair | 0001 | MTC-00021668
Jennings, Bob | 0001 | MTC-00007324
Jennings, Charles | 0001 | MTC-00024072
Jennings, Devoyd | 0001 | MTC-00031761
Jennings, Dewayne | 0001 | MTC-00008638
Jennings, Douglas Jr. | 0002 | MTC-00031400
Jennings, Jeffq | 0001 | MTC-00016316
Jennings, Kenneth | 0001 | MTC-00006764
Jennings, Michael | 0002 | MTC-00000767
Jennings, Michael | 0001 | MTC-00013915
Jennings, Michael | 0001 | MTC-00015454
Jennings, Richard | 0001 | MTC-00005133
Jennings, Robert | 0001 | MTC-00013255
Jennings, T. Mack | 0001 | MTC-00011741
Jennings, Tim | 0001 | MTC-00025406
Jenove, Matthew | 0001 | MTC-00017716
Jensas, Harals | 0001 | MTC-00009865
Jensen, Bill | 0001 | MTC-00019239
Jensen, Bob | 0001 | MTC-00004881
Jensen, Bob | 0001 | MTC-00014111
Jensen, Brian | 0001 | MTC-00000050
Jensen, Chris | 0001 | MTC-00006474
Jensen, Daniel | 0001 | MTC-00004211
Jensen, Daniel | 0001 | MTC-00019008
Jensen, Daniel | 0001 | MTC-00020089
Jensen, Darlene | 0001 | MTC-00013232
Jensen, Douglas | 0004 | MTC-00027452
Jensen, Inez | 0001 | MTC-00013982
Jensen, Inez | 0001 | MTC-00007266
Jensen, Jeff | 0001 | MTC-00015124
Jensen, Joe | 0002 | MTC-00004976
Jensen, John | 0001 | MTC-00004372
Jensen, Jon | 0001 | MTC-00007276
Jensen, Joshua | 0001 | MTC-00016823
Jensen, Louemma | 0001 | MTC-00006807
Jensen, Needon | 0001 | MTC-00026565
Jensen, Neil | 0001 | MTC-00001384
Jensen, Niels | 0001 | MTC-00022265
Jensen, Paul E. | 0001 | MTC-00009232
Jensen, R.F. | 0001 | MTC-00008189
Jensen, Rep | 0001 | MTC-00009731
Jensen, Ronnie | 0001 | MTC-00001114
Jensen, Ronnie | 0001 | MTC-00001613
Jensen, Tim | 0001 | MTC-00020054
Jensen, Virginia | 0001 | MTC-00009993
Jenson, M.J. | 0001 | MTC-00023220
Jenson, Margo | 0001 | MTC-00006735
Jenson, Victoria | 0001 | MTC-00029953
Jentink, J. | 0001 | MTC-00017610
Jentink, J. | 0002 | MTC-00025990
Jeppeser, Henning D. | 0001 | MTC-00027994
Jere Beauchamp | 0001 | MTC-00019737
Jeremias | 0002 | MTC-00004096
Jergensen, Eric | 0001 | MTC-00017576
Jergensen, Girard | 0001 | MTC-00018721
Jergi, Kevin | 0001 | MTC-00025373
Jergins, Michael | 0001 | MTC-00024873
jerichelsing@ yahoo.com | 0001 | MTC-00017283
Jerman, Don | 0005 | MTC-00004862
Jerome, Jerome | 0001 | MTC-00022111
Jerome, Kenneth | 0001 | MTC-00029992
jeronamo69@ hotmail.com | 0001 | MTC-00028175
Jerry | 0001 | MTC-00011399
Jerry | 0001 | MTC-00026740
jerry g | 0001 | MTC-00025183
Jerry, Dan | 0001 | MTC-00010309
jerry@ amusementconsulting.com | 0001 | MTC-00017260
jerry@ electromotion.com | 0001 | MTC-00017302
Jerrydeannaphx@ aol.com | 0001 | MTC-00005434
Jervis, Amanda | 0001 | MTC-00032854
Jesle, Alissa | 0001 | MTC-00011864
Jesmer, John | 0001 | MTC-00022792
Jesper | 0001 | MTC-00021715
Jesse Montrose | 0001 | MTC-00019727
Jessee, Chris | 0001 | MTC-00026024
Jessen, David | 0001 | MTC-00026774
Jester, Jay D. | 0001 | MTC-00001910
Jesuve, Jens Eike | 0001 | MTC-00023956
jethro23@ juno.com | 0001 | MTC-00026478
jetoosn@ flash.net | 0001 | MTC-00021973
Jett, Frank | 0001 | MTC-00009371
Jetton, Richard | 0001 | MTC-00019357
Jetzer, Bill | 0001 | MTC-00015932
Jevach, James E. | 0001 | MTC-00024992
Jevonowitz, Gerald | 0001 | MTC-00025677
Jew, Howard and Lucy | 0001 | MTC-00007507
Jewison, Patric | 0003 | MTC-00009684
Jezmo | 0001 | MTC-00004851
JFerrantin@ aol.com | 0001 | MTC-00007292
jffati@ prodigy.net | 0001 | MTC-00021438
jgolden28@ msn.com | 0001 | MTC-00010429
Jhanwar, Raj | 0001 | MTC-00005761
JHBEHAN@ aol.com | 0001 | MTC-00023229
jhektner@ optonline.net | 0001 | MTC-00017284
jhektner@ optonline.net | 0001 | MTC-00017282
Jhige1032@ aol.com | 0001 | MTC-00024998
jhoward964@ aol.com | 0001 | MTC-00028190
jhowasso@ swbell.net | 0001 | MTC-00014583
Ji, Xiaoping | 0001 | MTC-00028936
Jiang, Li | 0001 | MTC-00022470
Jiang, Peng | 0001 | MTC-00005414
Jide | 0001 | MTC-00026746
Jilek, B. L. | 0001 | MTC-00004281
Jim | 0001 | MTC-00006714
Jim | 0001 | MTC-00003025
Jim | 0001 | MTC-00001840
Jim | 0001 | MTC-00002015
Jim | 0001 | MTC-00019813
Jim | 0001 | MTC-00012051
jim(092)va7gpd(092)n7gpd | 0001 | MTC-00009604
jimbrown3@ aol.com | 0001 | MTC-00014590
jimc@ accipio.com | 0001 | MTC-00012744
jimdunlop@ mediaone.net | 0001 | MTC-00014532
jimeian, Fred | 0001 | MTC-00025076
Jimenez, Dr. | 0001 | MTC-00027920
Jimenez, Erlih | 0001 | MTC-00027934
Jimenez, Fernando | 0001 | MTC-00018900
Jimenez, Jeffrey | 0001 | MTC-00011043
Jimerez, Ailei | 0001 | MTC-00011211
Jiminez, Serafin | 0002 | MTC-00011222
Jiminez, Sergio | 0001 | MTC-00011183
jimj@ value.net | 0001 | MTC-00011122
jimthom78@ aol.com | 0001 | MTC-00028174
jimwelsh@ bellsouth.net | 0001 | MTC-00010459
Jircitano, Brad A. | 0002 | MTC-00027138
Jiu, Brett | 0001 | MTC-00006165
Jizba, Zaenck | 0001 | MTC-00003198
jjangard@ aol.com | 0001 | MTC-00033646
JJPorrett@ aol.com | 0001 | MTC-00007527
jkwassociates@ aol.com | 0001 | MTC-00010374
JLam19073@ cs.com | 0001 | MTC-00001740
jleftelaar@ guate.net | 0001 | MTC-00010399
JMaggard@ timesdispatch.com | 0006 | MTC-00000883
jmd@ cybermesa.com | 0001 | MTC-00010379
jmd@ wrkgrp.com | 0001 | MTC-00024778
jmeaders@ netdoor.com | 0001 | MTC-00001975
jmegna@ wettv.org | 0001 | MTC-00014533
jmel@ adno.com | 0001 | MTC-00010922
Jmetz | 0001 | MTC-00029536
jmf66@ juno.com | 0001 | MTC-00027198
jmmitchelljr@ earthlink.net | 0001 | MTC-00023362
jmorris | 0001 | MTC-00012129
jmpeterson@ aolu.mit.edu | 0001 | MTC-00015940
JMW | 0001 | MTC-00014656
jnelms@ finalfrontiers,org | 0001 | MTC-00024245
joanandjohn@ webtv.net | 0001 | MTC-00014334
joanpeterson | 0001 | MTC-00022231
Jobe, Jason | 0001 | MTC-00016241
jobs(o)impactsolutions.com | 0001 | MTC-00001428
Jochimsen,Michael | 0005 | MTC-00027379
Jocque, Donavan | 0001 | MTC-00027584
Jodene, Jerry | 0001 | MTC-00009571
Joe Cool | 0002 | MTC-00000856
joec504@ earthlink.net | 0001 | MTC-00028606
joecr | 0001 | MTC-00021394
joecynthia@ yahoo.com | 0001 | MTC-00014598
Joejensen@ aol.com | 0001 | MTC-00023635
Joel, Craig | 0001 | MTC-00010408
joel@ patriot-usa.com | 0001 | MTC-00014329
joelbraun@ att.net | 0001 | MTC-00011424
joelmassey@ attbi.com | 0001 | MTC-00010457
joelunchbucket@ hotmail.com | 0001 | MTC-00017212
Joer099@ aol.com | 0001 | MTC-00014499
Joerg, David | 0002 | MTC-00026220
joe—213@ hotmail.com | 0001 | MTC-00028622
Joham, David | 0002 | MTC-00027469
Johannes, Ernst | 0002 | MTC-00000914
Johansen, Judy | 0001 | MTC-00012969
Johansson, James | 0001 | MTC-00014410
Johansson, Lars | 0001 | MTC-00024584
Johansson, Peter | 0002 | MTC-00000633
John | 0001 | MTC-00003009
John | 0002 | MTC-00020572
John | 0001 | MTC-00023402
John | 0001 | MTC-00006900
John Hussey, AKA jhussey@ pcc.net | 0001 | MTC-00020398
John John, AKA jhussey@ pcc.net | 0001 | MTC-00020391
John, David | 0001 | MTC-00009467
John.Murray@ cantire.com | 0001 | MTC-00015367
john805@ lowatelecom.net | 0001 | MTC-00021403
john@ inetplus.net | 0001 | MTC-00028627
Johnaker@ aol.com | 0001 | MTC-00006686
Johnasson, Tobias | 0001 | MTC-00015062
johnh@ mail.truesdail.com | 0001 | MTC-00000851
johnpaul@ pikenet.net | 0001 | MTC-00014685
Johns, John R. | 0001 | MTC-00018877
JOhns, Lee and June Miguel | 0001 | MTC-00030083
Johnsen, Gary | 0001 | MTC-00019891
Johnsen, Michael | 0001 | MTC-00016118
Johnson III, Thomas | 0002 | MTC-00008550
ohnson Jr., Basil | 0001 | MTC-00005195
Johnson, Alex | 0002 | MTC-00020279
Johnson, Alex | 0001 | MTC-00004597
Johnson, Alex | 0001 | MTC-00026829
Johnson, Alfred | 0001 | MTC-00002441
Johnson, Alfred E. | 0001 | MTC-00010668
Johnson, Ammon | 0001 | MTC-00026192
Johnson, Andrew | 0002 | MTC-00028355
Johnson, Andrew | 0002 | MTC-00010091
Johnson, Ben | 0001 | MTC-00017864
Johnson, Beth E. | 0001 | MTC-00015081
Johnson, Betty | 0001 | MTC-00023864
Johnson, Betty | 0001 | MTC-00033368
Johnson, Bill | 0001 | MTC-00005725
Johnson, Billie | 0001 | MTC-00006696
Johnson, Blanche | 0001 | MTC-00025407
Johnson, Bobby | 0001 | MTC-00030026
Johnson, Bobby | 0001 | MTC-00005464
Johnson, Boyd | 0001 | MTC-00014239
Johnson, Bradley | 0002 | MTC-00001351
Johnson, Bradley R. | 0002 | MTC-00027976
Johnson, Brent | 0001 | MTC-00021344
Johnson, Brett | 0001 | MTC-00016599
Johnson, Brian E. | 0003 | MTC-00000251
Johnson, Brian E. | 0001 | MTC-00018420
Johnson, Carl | 0001 | MTC-00018527
Johnson, Carl | 0002 | MTC-00031553
Johnson, Carolyn and Gerald | 0001 | MTC-00032702
Johnson, Cary A. | 0001 | MTC-00007115
Johnson, Charles | 0001 | MTC-00020359
Johnson, Charles | 0001 | MTC-00003998
Johnson, Charles | 0001 | MTC-00029926
Johnson, Charley | 0001 | MTC-00013674
Johnson, Chris | 0001 | MTC-00018192
Johnson, Chris | 0001 | MTC-00000538
Johnson, Christopher | 0001 | MTC-00002547
Johnson, Corey R. | 0001 | MTC-00002288
Johnson, Criag | 0001 | MTC-00000910
Johnson, Curt | 0001 | MTC-00010302
Johnson, Dan | 0001 | MTC-00008021
Johnson, Dane | 0001 | MTC-00016327
Johnson, Daniel | 0006 | MTC-00008393
Johnson, Darin | 0001 | MTC-00012865
Johnson, David | 0001 | MTC-00017619
Johnson, David | 0001 | MTC-00031498
Johnson, David C. | 0002 | MTC-00019111
Johnson, David R. | 0001 | MTC-00019608
Johnson, Dawn | 0002 | MTC-00032317
Johnson, Dean | 0001 | MTC-00010663
Johnson, Del | 0001 | MTC-00020339
Johnson, Dolores | 0001 | MTC-00014308
Johnson, Donald | 0001 | MTC-00032611
Johnson, Donald | 0001 | MTC-00009962
Johnson, Donald and Kathryn | 0001 | MTC-00013737
Johnson, Donna M. | 0001 | MTC-00006898
Johnson, E. H. John | 0001 | MTC-00008483
Johnson, Ed | 0001 | MTC-00012195
Johnson, Eric | 0001 | MTC-00004193
Johnson, Eric | 0001 | MTC-00006846
Johnson, Eve | 0001 | MTC-00008070
Johnson, Francis | 0002 | MTC-00009958
Johnson, Francis | 0002 | MTC-00032533
Johnson, Francis E. | 0001 | MTC-00027393
Johnson, Frank | 0001 | MTC-00005419
Johnson, G. Edward | 0001 | MTC-00018332
Johnson, Gary | 0001 | MTC-00008016
Johnson, Glenn | 0001 | MTC-00013074
Johnson, Gloriana | 0001 | MTC-00030961
Johnson, Greg | 0002 | MTC-00017138
Johnson, Greg G. | 0001 | MTC-00031838
Johnson, H. | 0001 | MTC-00012084
Johnson, Ian | 0001 | MTC-00025756
Johnson, Jadrian | 0001 | MTC-00015516
Johnson, Janice | 0001 | MTC-00029343
Johnson, Jerry | 0001 | MTC-00007950
Johnson, Jonathan | 0001 | MTC-00019571
Johnson, Joyce | 0001 | MTC-00008934
Johnson, Katherine | 0001 | MTC-00017850
Johnson, Kathleen | 0001 | MTC-00021858
Johnson, Kathleen | 0001 | MTC-00008538
Johnson, L.E. | 0001 | MTC-00028993
Johnson, Lane | 0001 | MTC-00024227
Johnson, Larry | 0001 | MTC-00003634
Johnson, Larry | 0001 | MTC-00003150
Johnson, Larry M. | 0001 | MTC-00011690
Johnson, Linda | 0002 | MTC-00008284
Johnson, M. Brian | 0002 | MTC-00021042
Johnson, Mark | 0001 | MTC-00011523
Johnson, Mark | 0002 | MTC-00022052
Johnson, Mark | 0002 | MTC-00027525
Johnson, Mary | 0003 | MTC-00032343
Johnson, Matthew | 0002 | MTC-00004706
Johnson, Matthew | 0003 | MTC-00005342
Johnson, Matthew | 0002 | MTC-00016620
Johnson, Melvin | 0001 | MTC-00006600
Johnson, Melvin D. | 0001 | MTC-00000996
Johnson, Michael | 0001 | MTC-00026408
Johnson, Miles | 0001 | MTC-00019222
Johnson, Monty | 0001 | MTC-00007475
Johnson, Monty | 0001 | MTC-00011510
Johnson, Norm | 0001 | MTC-00005895
Johnson, Paul | 0008 | MTC-00012543
Johnson, Peter | 0001 | MTC-00026445
Johnson, philip | 0001 | MTC-00001268
Johnson, Philip | 0001 | MTC-00028285
Johnson, Phillip | 0001 | MTC-00002538
Johnson, R. C. | 0001 | MTC-00019791
Johnson, R. Fulton | 0001 | MTC-00023626
Johnson, Robert | 0001 | MTC-00014624
Johnson, Robert | 0001 | MTC-00029038
Johnson, Robin | 0001 | MTC-00016568
Johnson, Rogers | 0001 | MTC-00033708
Johnson, Romica | 0001 | MTC-00003521
Johnson, Ronald | 0002 | MTC-00014272
Johnson, Russell | 0001 | MTC-00006664
Johnson, Ryan | 0002 | MTC-00004596
Johnson, Samuel | 0002 | MTC-00023996
Johnson, Sandi | 0001 | MTC-00012191
Johnson, Scott | 0001 | MTC-00012273
Johnson, Scott | 0001 | MTC-00000139
Johnson, Scott | 0001 | MTC-00015023
Johnson, Scott M. | 0002 | MTC-00023297
Johnson, Sean | 0001 | MTC-00012916
Johnson, Stan | 0001 | MTC-00030782
Johnson, Stephen | 0001 | MTC-00002447
Johnson, Sterling | 0001 | MTC-00013868
Johnson, Steven | 0002 | MTC-00027712
Johnson, Steven C. | 0002 | MTC-00033682
Johnson, Steven C. | 0002 | MTC-00033834
Johnson, Susan M. | 0001 | MTC-00033698
Johnson, Tamey | 0001 | MTC-00011743
Johnson, Ted | 0001 | MTC-00023242
Johnson, Thomas | 0002 | MTC-00030637
Johnson, Thomas | 0002 | MTC-00024601
Johnson, Tim | 0001 | MTC-00022020
Johnson, Tims | 0001 | MTC-00025788
Johnson, Tom | 0001 | MTC-00002317
Johnson, Tom | 0002 | MTC-00016790
Johnson, Tyler | 0001 | MTC-00018415
Johnson, Vaughan | 0001 | MTC-00021862
Johnson, Vel | 0003 | MTC-00016304
Johnson, Walter L. | 0001 | MTC-00033576
Johnson, Wayne | 0001 | MTC-00023538
Johnson, Wendy | 0001 | MTC-00011740
Johnson, William | 0002 | MTC-00011293
Johnson, William | 0001 | MTC-00030555
Johnson, Zach | 0002 | MTC-00019309
Johnson, Zachary | 0002 | MTC-00003023
Johnson-Evers, Steve | 0001 | MTC-00020958
Johnson-Whitty, Patrick | 0001 | MTC-00004613
Johnson< jeff | 0001 | MTC-00017190
Johnsonston, Thomas | 0002 | MTC-00030162
Johnston, Ann | 0001 | MTC-00030915
Johnston, Dan | 0001 | MTC-00025888
Johnston, Dave | 0002 | MTC-00003352
Johnston, David | 0001 | MTC-00020638
Johnston, Earl | 0002 | MTC-00006248
Johnston, Earl | 0002 | MTC-00011679
Johnston, Glen | 0002 | MTC-00033661
Johnston, Howard | 0001 | MTC-00002464
Johnston, Howard | 0001 | MTC-00002130
Johnston, John | 0002 | MTC-00003791
Johnston, John | 0002 | MTC-00019787
Johnston, John | 0001 | MTC-00026597
Johnston, John H. | 0002 | MTC-00007831
Johnston, John J. | 0001 | MTC-00005104
Johnston, Larry | 0001 | MTC-00015016
Johnston, Mary | 0002 | MTC-00033081
Johnston, Neele | 0004 | MTC-00028818
Johnston, Nick | 0001 | MTC-00013889
Johnston, P. | 0001 | MTC-00005176
Johnston, Paul | 0001 | MTC-00031437
Johnston, Paul | 0002 | MTC-00011605
Johnston, R. C. | 0001 | MTC-00008968
Johnston, Robert | 0001 | MTC-00002020
Johnston, Sam | 0001 | MTC-00017334
Johnston, Wilbur T. | 0001 | MTC-00021872
Johnston, Wilburt and Dorothy H | 0001 | MTC-00011490
john—doe@ bestconsulting.org | 0001 | MTC-00024235
Joho | 0001 | MTC-00013630
Johonson, David | 0001 | MTC-00019022
Joiner, L.E. | 0001 | MTC-00002214
jojame36@ aol.com | 0001 | MTC-00015979
jojame@ aol.com | 0001 | MTC-00015976
Jokerst, Rodney M. | 0001 | MTC-00026129
Joki, Judy | 0001 | MTC-00026365
Joki, Mr. and Mrs. Thomas A. | 0002 | MTC-00010288
Joline, Everett | 0001 | MTC-00006189
Joline, Everett | 0001 | MTC-00030568
Jolles, Peter | 0001 | MTC-00018018
Jolly Jr., Dave | 0001 | MTC-00012884
Jolly, E.L. | 0001 | MTC-00012955
jon Kai@ aol.com | 0004 | MTC-00001527
Jonas, Doug and Jan | 0001 | MTC-00008964
jonathan@ corbett.net | 0001 | MTC-00011307
JonathanGoldblatt@ compuserve.com | 0001 | MTC-00025099
Jones Jr., Marhni, Francis | 0001 | MTC-00030494
Jones, Abby L. | 0002 | MTC-00030095
Jones, Adam | 0002 | MTC-00014997
Jones, Allan | 0001 | MTC-00018379
Jones, Arthur | 0001 | MTC-00005764
Jones, Ashley | 0001 | MTC-00018168
Jones, Ben | 0001 | MTC-00030512
Jones, Bob | 0001 | MTC-00024782
Jones, Bobby | 0002 | MTC-00033033
Jones, Bobby | 0001 | MTC-00015317
Jones, Brian | 0002 | MTC-00011157
Jones, Brian | 0001 | MTC-00016040
JOnes, Bryan William | 0003 | MTC-00012835
Jones, C R. | 0001 | MTC-00020600
Jones, Carole L. | 0001 | MTC-00021509
Jones, Casey | 0001 | MTC-00030023
Jones, Charles | 0002 | MTC-00010521
Jones, Charles Jr. | 0001 | MTC-00026489
Jones, Chris | 0001 | MTC-00017104
Jones, Chris | 0001 | MTC-00012915
Jones, Chuck | 0002 | MTC-00030703
Jones, Clara J. | 0001 | MTC-00026484
Jones, Daniel | 0001 | MTC-00017771
Jones, Daniel | 0001 | MTC-00030424
Jones, Dave | 0001 | MTC-00003392
Jones, Dave | 0001 | MTC-00003400
Jones, Dave | 0002 | MTC-00010095
Jones, David | 0001 | MTC-00025352
Jones, David | 0002 | MTC-00000346
Jones, Devon | 0001 | MTC-00017118
Jones, Dexter | 0001 | MTC-00020786
Jones, Don | 0001 | MTC-00002311
JOnes, dusty | 0001 | MTC-00015917
Jones, Earl | 0002 | MTC-00033182
Jones, Edwin R. | 0002 | MTC-00026205
Jones, Elaine | 0001 | MTC-00021776
Jones, Elizabeth | 0001 | MTC-00008677
Jones, Elizabeth | 0001 | MTC-00020750
Jones, Emerald | 0002 | MTC-00003498
Jones, Eric | 0001 | MTC-00016715
jones, Erick | 0001 | MTC-00025057
Jones, Fenton | 0001 | MTC-00001055
Jones, Fenton | 0001 | MTC-00002662
Jones, Florence | 0001 | MTC-00024617
Jones, Frieda | 0001 | MTC-00031515
Jones, Gary | 0001 | MTC-00016014
Jones, Gideon | 0001 | MTC-00020875
Jones, Gideon | 0001 | MTC-00020872
Jones, Howard | 0001 | MTC-00006309
Jones, James | 0001 | MTC-00015170
Jones, Jeanette | 0002 | MTC-00013707
Jones, Jeff | 0002 | MTC-00017097
Jones, Jerry | 0001 | MTC-00032887
Jones, Jim | 0001 | MTC-00005612
Jones, Jimmie | 0001 | MTC-00029876
Jones, Jimmy | 0001 | MTC-00022407
Jones, John | 0001 | MTC-00000751
Jones, John | 0001 | MTC-00020181
Jones, John | 0001 | MTC-00032263
Jones, John | 0001 | MTC-00005314
Jones, John G. | 0002 | MTC-00020217
Jones, John S. | 0001 | MTC-00010902
Jones, Justin | 0001 | MTC-00026181
Jones, Justin | 0001 | MTC-00027921
Jones, Kelley | 0001 | MTC-00011459
Jones, Kevin | 0001 | MTC-00013228
Jones, Kevin | 0002 | MTC-00002478
Jones, King K. | 0001 | MTC-00010051
Jones, Larry | 0002 | MTC-00003908
Jones, Lewis | 0001 | MTC-00030469
Jones, Lyle | 0001 | MTC-00022993
Jones, Marcia | 0001 | MTC-00029095
Jones, Mark | 0001 | MTC-00031618
Jones, Martin | 0001 | MTC-00016063
Jones, Mary | 0001 | MTC-00033726
Jones, Mary B. | 0001 | MTC-00014691
Jones, matthew | 0002 | MTC-00010724
Jones, Matthew | 0001 | MTC-00024484
Jones, Matthew | 0002 | MTC-00009927
Jones, Michael | 0002 | MTC-00003015
Jones, Michael | 0001 | MTC-00005428
Jones, Michael Issac | 0001 | MTC-00019519
Jones, Michael P. | 0001 | MTC-00016525
jones, Millie | 0001 | MTC-00007312
Jones, Peter | 0001 | MTC-00026551
Jones, Peter | 0001 | MTC-00022562
Jones, Philip | 0001 | MTC-00017791
Jones, Phillip D. | 0001 | MTC-00016582
Jones, Raphael L. | 0001 | MTC-00026456
Jones, Richard | 0001 | MTC-00019024
Jones, Robert | 0001 | MTC-00030488
Jones, Robert E. | 0001 | MTC-00002589
Jones, Russ | 0001 | MTC-00006368
Jones, Ruth | 0001 | MTC-00024210
Jones, Sherry | 0001 | MTC-00010097
Jones, Steve | 0001 | MTC-00020843
Jones, Steven | 0001 | MTC-00003260
Jones, Thouis | 0001 | MTC-00015662
Jones, Tom | 0002 | MTC-00005031
Jones, Tom | 0002 | MTC-00017208
Jones, Warren | 0001 | MTC-00019452
Jones, Wilson | 0001 | MTC-00020704
Jonpi | 0002 | MTC-00033228
Jonson, Edward | 0001 | MTC-00032610
Jonson, Hank | 0001 | MTC-00023371
Jonson, Mike | 0001 | MTC-00006035
Joppien, Patricia | 0001 | MTC-00022042
Jordan J.C. | 0002 | MTC-00029765
Jordan, Bill | 0001 | MTC-00000002
Jordan, Bret | 0001 | MTC-00017084
Jordan, Calvin A. | 0002 | MTC-00029960
Jordan, Christina | 0001 | MTC-00028670
Jordan, Clinton and Vicki | 0001 | MTC-00029512
Jordan, Elliot | 0001 | MTC-00023535
Jordan, Gaynelle | 0001 | MTC-00028480
Jordan, Grahme | 0001 | MTC-00003816
Jordan, J.T. | 0001 | MTC-00026776
Jordan, James T. | 0002 | MTC-00032111
Jordan, Jim | 0001 | MTC-00021671
Jordan, Jon | 0001 | MTC-00018817
Jordan, Larry | 0001 | MTC-00025466
Jordan, Marilyn | 0001 | MTC-00023757
Jordan, Michael | 0004 | MTC-00005042
Jordan, Mike | 0001 | MTC-00021543
Jordan, Rob | 0001 | MTC-00032545
Jordan, Robert | 0002 | MTC-00019372
Jordan, Roberta | 0001 | MTC-00020542
Jordan, Steve | 0002 | MTC-00031124
Jordan, Thomas L. | 0001 | MTC-00014625
Jordon, Donald | 0001 | MTC-00009623
Jorgens, Stanton | 0001 | MTC-00029473
Jorgensen, Alan | 0001 | MTC-00009509
Jorgensen, Dave | 0002 | MTC-00028446
Jorgensen, Jerry | 0002 | MTC-00032349
Jorgensen, Jerry | 0002 | MTC-00033629
Jorgensen, John | 0001 | MTC-00015257
Jorgensen, John | 0002 | MTC-00027182
Jorgensen, Patricia | 0002 | MTC-00027177
Jorgenson, Dave | 0001 | MTC-00028290
Jorgenson, Eric | 0002 | MTC-00002347
Jorgenson, George J. | 0002 | MTC-00009070
jorjw@ msn.com | 0001 | MTC-00028139
Jorritsma, Jelle | 0001 | MTC-00019973
josef@ steglobal.net | 0001 | MTC-00004157
Joseph Hussey, aka josephhussey@ pcc.net | 0001 | MTC-00020394
Joseph Kanowitz | 0002 | MTC-00019736
Joseph, John G. | 0002 | MTC-00028799
Joseph, Martin | 0002 | MTC-00026240
Joseph, Seymour | 0001 | MTC-00001249
Joseph-Nickels, Andrea | 0002 | MTC-00002521
joseph@ enrico- | 0001 | MTC-00010390
associates.com
josephhwl@ msn.com | 0001 | MTC-00016015
Josephs, Mark | 0001 | MTC-00000798
josephsi@ hotmail.com | 0001 | MTC-00019540
JosephW290@ aol.com | 0001 | MTC-00006870
Josh | 0001 | MTC-00004562
Josh | 0001 | MTC-00027044
JoShade@ aol.com | 0001 | MTC-00013376
Joshi, Alok | 0001 | MTC-00021648
joshthunt@ hotmail.com | 0001 | MTC-00028650
Joshua 2000ad | 0001 | MTC-00000510
Joshua Smith | 0001 | MTC-00019722
joshvern@ juno.com | 0001 | MTC-00025822
Joslin, Chip | 0001 | MTC-00024236
Joslin, Richard L. | 0001 | MTC-00002765
Joslin, Richard L. | 0001 | MTC-00010315
Jossart, Ivo | 0002 | MTC-00025887
Jotr2@ aol.com | 0001 | MTC-00007271
Jouett, John K. | 0001 | MTC-00005673
Jourer, Mary E. | 0001 | MTC-00009075
Joven, Joven | 0002 | MTC-00000123
Joy, Carol | 0001 | MTC-00008378
Joyce, Patrick | 0001 | MTC-00017096
Joyce, Robert and Renee | 0001 | MTC-00020664
Joyner, Ian | 0001 | MTC-00001118
Joyner, Ian | 0001 | MTC-00008491
Joyner, Keith | 0001 | MTC-00013966
Jozevuk@ webtv.net | 0001 | MTC-00012824
jpderyke151@ aol.com | 0001 | MTC-00015995
Jpf251@ aol.com | 0001 | MTC-00006117
JPH | 0001 | MTC-00023547
jpi1975@ aol.com | 0001 | MTC-00014596
JPiscioner@ aol.com | 0001 | MTC-00008434
jprandisi@ cs.com | 0001 | MTC-00016009
Jr | 0001 | MTC-00002704
JR | 0002 | MTC-00015299
JR | 0001 | MTC-00015306
Jr. | 0001 | MTC-00013323
Jrb051469@ aol.com | 0001 | MTC-00014271
jrb312@ bellsouth.net | 0001 | MTC-00011316
jreece@ northstate.net | 0001 | MTC-00011445
Jreece@ northstate.net | 0001 | MTC-00028712
jreed@ cabq.gov | 0001 | MTC-00011311
jrew600891@ aol.com | 0001 | MTC-00009228
Jrloans@ aol.com | 0001 | MTC-00005415
JRob98@ aol.com | 0001 | MTC-00032365
jrooste@ yahoo.com | 0001 | MTC-00014582
Jrq007@ aol.com | 0001 | MTC-00007686
Jrs | 0001 | MTC-00028890
JSB | 0001 | MTC-00013122
JSB | 0001 | MTC-00007211
jsb | 0001 | MTC-00012064
jseby@ att.tech.com | 0001 | MTC-00015209
JT | 0001 | MTC-00002012
jtgilbert@ aol.com | 0001 | MTC-00015987
jtsheldon@ pcis.net | 0001 | MTC-00021423
Juan, Don | 0001 | MTC-00015667
Jubb, Larry | 0002 | MTC-00012399
Juckowski, Jeff | 0001 | MTC-00025297
Judd, Curtis | 0001 | MTC-00016343
Judd, Rob | 0001 | MTC-00009013
Jude, Joyce | 0001 | MTC-00020929
Judibird1@ aol.com | 0001 | MTC-00008662
Judickas, Leonard | 0001 | MTC-00032926
judimoore@ pioneernet.net | 0001 | MTC-00028126
judithregan2000@ yahoo.com | 0001 | MTC-00017213
Judson | 0002 | MTC-00032122
Judy and Kevin | 0001 | MTC-00008927
Juergens, Adrian | 0001 | MTC-00020597
Juetten, Scott and Rochelle | 0001 | MTC-00007684
Jugan, Dennis | 0002 | MTC-00004563
Jugoz, Olga Leilani | 0001 | MTC-00022680
Juhl, Jesper | 0001 | MTC-00018875
Jules, Darren | 0001 | MTC-00018857
Julian, John | 0001 | MTC-00018392
Julian, Lillian | 0001 | MTC-00020604
Juliano, Daniel | 0001 | MTC-00016305
Juliano, Mark | 0002 | MTC-00016578
Juliolis, Linas | 0001 | MTC-00026281
Jullien, Marc | 0001 | MTC-00005359
Julsxm@ aol.com | 0001 | MTC-00007901
julwalters@ msn.com | 0001 | MTC-00010929
Jump, Theodore A. | 0001 | MTC-00015352
jumpj152@ hotmail.com | 0001 | MTC-00028114
june.allen@ gte.net | 0001 | MTC-00024777
Juneau, Daniel | 0001 | MTC-00031905
Juneke, Dennis | 0002 | MTC-00030702
Jungalwala, Jay | 0001 | MTC-00017455
Jungemann, Eric | 0001 | MTC-00019369
Jungermann, George | 0001 | MTC-00026861
Jungers, Craig | 0002 | MTC-00003778
Junkioski, Michael | 0002 | MTC-00024080
Jurach, Matt | 0004 | MTC-00017542
Jurgensen, Mark | 0001 | MTC-00011776
Jurgenson, Philip | 0001 | MTC-00015390
Jurik, Jon | 0001 | MTC-00021039
Juroff, Daniel | 0001 | MTC-00003585
Juska, Louis | 0001 | MTC-00024540
Just AnalHQ | 0001 | MTC-00002178
Just, Cameron | 0001 | MTC-00019753
Juster, Gregory | 0001 | MTC-00013269
justfnsit@ aol.com | 0001 | MTC-00012742
Justice, Doris | 0001 | MTC-00005840
Justice, John | 0001 | MTC-00017705
Justice, Joseph R. | 0002 | MTC-00027410
Justin | 0001 | MTC-00018844
Justin | 0001 | MTC-00025519
Justin | 0001 | MTC-00026563
Justiniano, Anthony | 0001 | MTC-00023201
Juve, Eric K. | 0002 | MTC-00002986
jvedevine@ bgf.com | 0001 | MTC-00014503
jwarth@ stonesav.com | 0001 | MTC-00014673
jwbl3@ juno.com | 0001 | MTC-00026650
jwbowman@ msn.com | 0001 | MTC-00024292
JWD321@ aol.com | 0001 | MTC-00005613
Jwebb71561@ aol.com | 0001 | MTC-00010440
K, Steve | 0001 | MTC-00019684
K., Kathy | 0001 | MTC-00009315
K.O. | 0001 | MTC-00016931
K1eOx@ earthlink.net | 0001 | MTC-00002604
K@ nn.ultranet.com | 0001 | MTC-00017215
Kaakinen, Teijo | 0002 | MTC-00019522
Kaas, Leo | 0001 | MTC-00021007
Kabakov, Alexander | 0001 | MTC-00012511
Kabart, Richard | 0002 | MTC-00032149
Kabila, Martin | 0002 | MTC-00013783
Kachline, Harry M. | 0002 | MTC-00001919
Kaczmarczyk, Kathy and David | 0002 | MTC-00020532
Kaczor, Chris | 0001 | MTC-00014972
Kadam, Priyadarshan | 0001 | MTC-00017703
Kadechka, Bob | 0001 | MTC-00011604
Kadison, Jay | 0001 | MTC-00020994
Kadrie, Todd | 0001 | MTC-00018727
Kaffoon, Eric | 0002 | MTC-00017132
Kafka, Cornelius | 0001 | MTC-00007532
Kagan, Paul | 0002 | MTC-00002919
Kahlbaum, Dennis | 0001 | MTC-00025092
Kahlbaum, Dennis F. | 0001 | MTC-00001806
Kahlbaum, Rob | 0001 | MTC-00023485
Kahle, Randolph | 0004 | MTC-00028455
Kahle, Randolph | 0003 | MTC-00029846
Kahler, Clarence | 0001 | MTC-00025335
Kahler, Doug | 0001 | MTC-00029477
Kahler, Terry | 0001 | MTC-00006085
Kahn, Ernest | 0001 | MTC-00028774
Kahn, J. | 0001 | MTC-00007929
Kahn, Marilyn | 0001 | MTC-00022605
Kahn,J. | 0001 | MTC-00026084
Kai, Jon | 0001 | MTC-00026359
Kai, Jon | 0001 | MTC-00010268
Kaiman, Mark | 0001 | MTC-00004953
Kain, Peter | 0001 | MTC-00008245
Kairys, Shams | 0001 | MTC-00029140
Kaiser, John | 0001 | MTC-00019271
Kaiser, Kurt B. | 0003 | MTC-00027409
Kaiser, Susan | 0001 | MTC-00019619
Kaitchuck, Tom | 0001 | MTC-00012866
Kajda, George | 0001 | MTC-00009124
Kajne, Joseph | 0001 | MTC-00019467
Kakridas, Dean | 0001 | MTC-00018607
Kakugawa, Kelvin Katsume Kang | 0001 | MTC-00015401
Kalabus, Edward | 0001 | MTC-00005118
Kalar, Allan | 0001 | MTC-00008080
Kalar, Allan | 0001 | MTC-00023215
Kalaydjian, Marty | 0001 | MTC-00001591
Kalbfleisch, Carol and Weider, Laurie C. | 0002 | MTC-00029987
Kale, Michael | 0001 | MTC-00018197
Kalich, Frank | 0001 | MTC-00011051
Kalidor, Kimura | 0002 | MTC-00016880
Kalisvaart, Adri | 0002 | MTC-00027651
Kallander, Sandra | 0001 | MTC-00010865
Kallestad, Wayne | 0001 | MTC-00023302
Kallin, M. | 0001 | MTC-00002092
Kallsen, Marvin | 0001 | MTC-00005483
Kalmadge, James | 0001 | MTC-00003217
Kalman, Era | 0001 | MTC-00019032
Kalogeras, Joanne | 0001 | MTC-00001309
Kalogeras, Joanne | 0001 | MTC-00002265
Kaltenbach, Susan | 0002 | MTC-00028578
Kalymon, Alexander | 0001 | MTC-00025168
Kam, M. | 0001 | MTC-00006093
Kamad, Syed | 0001 | MTC-00030066
Kamar, Abdullah | 0001 | MTC-00013184
Kameaan, Paul O. | 0001 | MTC-00030390
Kamens, Jonathan | 0001 | MTC-00024454
Kaminski, Dennis | 0001 | MTC-00002677
Kaminski, Dennis | 0001 | MTC-00032268
Kaminski, Verne | 0001 | MTC-00030500
Kamlay Aaron S. | 0001 | MTC-00027953
kammtown@ cs.com | 0001 | MTC-00001682
Kampp, Thomas D. | 0002 | MTC-00013724
Kane, Joseph | 0001 | MTC-00011204
Kane, Michael | 0001 | MTC-00024602
Kane, Mike | 0001 | MTC-00003885
Kane, Tom and Sandee | 0001 | MTC-00007540
Kanen1108@ hotmail.com | 0001 | MTC-00010425
Kangas, Corrie A. | 0001 | MTC-00029617
Kangas, Todd | 0001 | MTC-00029692
Kanley, Kevin | 0001 | MTC-00009934
Kannan, Arvind | 0001 | MTC-00019758
Kanninen, William R. | 0001 | MTC-00009939
Kantarjiev, Chris | 0001 | MTC-00017537
Kantner, Eve | 0001 | MTC-00020732
Kantner, Eve | 0001 | MTC-00032630
Kanys, Kenneth | 0001 | MTC-00016835
Kao, Justin | 0001 | MTC-00014978
Kapadia, Dharm | 0002 | MTC-00016380
Kapel, Dave | 0001 | MTC-00026955
Kapikian, Carl | 0001 | MTC-00021209
Kapikian, Carl K. | 0001 | MTC-00005107
Kapikran, C. | 0001 | MTC-00008370
Kapko, Valerie | 0003 | MTC-00023204
Kaplan, Ian | 0001 | MTC-00019045
Kaplan, Zach | 0002 | MTC-00026226
Kaplansky, Lazar | 0001 | MTC-00005449
Kapler, Paul | 0001 | MTC-00006997
Kaplinath | 0001 | MTC-00001755
Karaffa, Linda | 0001 | MTC-00018769
Karafilis, Milton | 0001 | MTC-00010976
Karafilis, Milton | 0001 | MTC-00005235
Karafilis, Milton | 0001 | MTC-00025581
Karakas, David M. | 0001 | MTC-00020245
KaraKash, John | 0001 | MTC-00015661
Karalekas, Steve | 0003 | MTC-00031707
Karam, Rima | 0001 | MTC-00026814
Karamded, Suman | 0001 | MTC-00015526
Karas, Joe | 0001 | MTC-00009041
Karasu, Simon | 0001 | MTC-00000786
Karaus, Thomas | 0001 | MTC-00025213
Karbekian, Michael | 0001 | MTC-00009005
Kardell, Shirley | 0001 | MTC-00020289
Karen, Karen | 0001 | MTC-00024160
karen1108@ hotmail.com | 0001 | MTC-00021970
Karia, Michael | 0001 | MTC-00031393
Karl | 0001 | MTC-00004343
Karl | 0001 | MTC-00023444
Karlhier, Armin | 0001 | MTC-00001486
Karlsson, Phillip | 0002 | MTC-00022440
Karnecki, Dave | 0001 | MTC-00025673
Karner, Candice | 0001 | MTC-00022777
Karney, Charles | 0003 | MTC-00008917
Karpinski, James | 0001 | MTC-00024108
Karr, Bob | 0001 | MTC-00026865
Karraker, Wallace | 0002 | MTC-00001786
Kartchner, Kerry | 0001 | MTC-00022895
Kartio, Doug | 0001 | MTC-00003857
Kartio, Doug | 0001 | MTC-00015715
Karuna, Karan | 0001 | MTC-00005400
Karve, Aneesh | 0001 | MTC-00022288
Kasak, Dan | 0002 | MTC-00003453
Kasden, Lowell | 0001 | MTC-00007028
Kasik, Ron | 0001 | MTC-00007546
Kasin, Cindy | 0001 | MTC-00010758
Kasje, Bill | 0001 | MTC-00002885
Kasper, Brian P. | 0002 | MTC-00004252
Kasperzak, R. Michael Jr. | 0001 | MTC-00009635
Kaspzak, Donald | 0001 | MTC-00001493
Kassan, Eric | 0001 | MTC-00009493
Kassan, Henry D. | 0001 | MTC-00001026
Kassner, Bob | 0001 | MTC-00005548
Kasson, MIke | 0001 | MTC-00028033
Kasten, J. Scott | 0006 | MTC-00026405
Kasten, Marjorie | 0001 | MTC-00012292
Kasza, Kathy | 0001 | MTC-00019485
Kateraas, Torgeir | 0001 | MTC-00010950
Kateraas, Torgeir | 0002 | MTC-00025225
Kath, Henry | 0001 | MTC-00029925
Kathan, Dan | 0001 | MTC-00006907
KatherinX@ aol.com | 0001 | MTC-00027201
Kathleen | 0001 | MTC-00019993
Katirai, Hooman | 0002 | MTC-00000545
Katscher, Chris | 0002 | MTC-00002408
Katt, Norma | 0001 | MTC-00011385
Kattler, Kathleen | 0001 | MTC-00031442
Kattner | 0001 | MTC-00029370
Katz, Aaron | 0002 | MTC-00004627
Katz, Bernard | 0001 | MTC-00029267
Katz, Bernard | 0001 | MTC-00010702
Katz, Diane S. | 0001 | MTC-00028564
Katz, Philip | 0001 | MTC-00013939
Katz, Sam | 0001 | MTC-00000971
Katz, Sheldon | 0001 | MTC-00008032
Katz, Solomon | 0001 | MTC-00010203
Katzer, Matt | 0001 | MTC-00012382
Katzman, Joel N. | 0001 | MTC-00002852
Kaufer, Stephen | 0001 | MTC-00019866
Kauffman, Craig S. | 0001 | MTC-00013993
Kaufman, Alex | 0001 | MTC-00005146
Kaufman, Bob | 0002 | MTC-00010729
Kaufman, Charles L. | 0001 | MTC-00032569
Kaufman, David | 0001 | MTC-00007672
Kaufman, Irving | 0002 | MTC-00009570
Kaufman, Jim | 0001 | MTC-00016700
Kaufman, Joseph L. | 0001 | MTC-00003835
Kaufman, Robert L. | 0001 | MTC-00029557
Kavanagh, Bob | 0001 | MTC-00019900
Kavaney, Jerome | 0001 | MTC-00010138
Kavounas, Larry | 0001 | MTC-00014321
Kay, Al | 0001 | MTC-00020491
Kay, Al | 0001 | MTC-00007877
Kay, Allen | 0001 | MTC-00029446
Kay, Cnad | 0001 | MTC-00020404
Kay, Franklin | 0001 | MTC-00007081
Kay, Jim | 0001 | MTC-00026194
Kay, Morris | 0001 | MTC-00005141
Kay, Morris | 0001 | MTC-00011661
Kay, Morris | 0002 | MTC-00029606
Kay, Morris | 0001 | MTC-00025589
Kay, Paul | 0001 | MTC-00005513
Kay, rich | 0001 | MTC-00012756
kayak44@ netzero.net | 0001 | MTC-00013833
Kayani, Sohail | 0001 | MTC-00011788
Kaye, Joseph | 0001 | MTC-00020149
Kayen | 0001 | MTC-00002519
Kayler | 0001 | MTC-00009900
Kayner, Stephen J. | 0001 | MTC-00001334
Kaza, Jason | 0001 | MTC-00018701
Kazarian, Jason Paul | 0001 | MTC-00025137
Kazeef, Mike | 0001 | MTC-00005290
Kazeef, Mike | 0001 | MTC-00025447
Kazimour, Scott | 0001 | MTC-00020116
Kazinsky, C.G. | 0001 | MTC-00008423
Kazmar, Patricia Ann | 0001 | MTC-00031229
Kazmierczak, Matthew | 0001 | MTC-00000379
Kazmierski, Jeffrey J. | 0001 | MTC-00001950
Kazmierski, Matt | 0001 | MTC-00019059
Kazura, Alexander | 0001 | MTC-00019162
KC | 0002 | MTC-00018572
kconover@ ilcc.cc.ia.us | 0001 | MTC-00028635
KDE League, Inc. | 0018 | MTC-00028788
Kdjrdenton@ aol.com | 0001 | MTC-00002696
Keady, Christopher S. | 0001 | MTC-00013679
Keagy, Robert | 0001 | MTC-00027291
Keane, James | 0002 | MTC-00010010
KEane, Louise | 0003 | MTC-00021905
Keane, Paul | 0001 | MTC-00000035
Kearney, Joseph W. | 0001 | MTC-00007364
Kearney, Nick | 0006 | MTC-00014855
Kearns, Terrence | 0001 | MTC-00025911
Keating, David | 0001 | MTC-00020628
Keating, James | 0001 | MTC-00000237
Keating, Robert | 0001 | MTC-00005087
Keating, Tom | 0003 | MTC-00031335
Keator, Patricia | 0001 | MTC-00013637
Keck, Dwaine F. | 0001 | MTC-00012259
Keckeis, Mark | 0002 | MTC-00011356
Keckis, Mark | 0001 | MTC-00016645
Kedrick, Kevin | 0001 | MTC-00008441
Kedzierski, Arthur | 0001 | MTC-00016681
Kedzierski, Diana | 0001 | MTC-00017562
Keebler, Harold | 0002 | MTC-00033250
Keefe, Ann | 0001 | MTC-00007986
Keefe, Ann | 0001 | MTC-00001237
Keefe, Ann and Tom | 0001 | MTC-00023604
Keefe, Dana Marie | 0001 | MTC-00024447
Keefe, Edmund A. | 0001 | MTC-00024434
Keefe, Tom | 0001 | MTC-00001239
Keefer, Darlene | 0001 | MTC-00026474
Keefer, James | 0001 | MTC-00024581
Keegan, David | 0001 | MTC-00019403
Keegan, Laurie J. | 0001 | MTC-00024535
Keelin, John | 0003 | MTC-00000842
Keen, Stephen | 0001 | MTC-00020990
Keen, Stephen | 0001 | MTC-00021004
Keenan, Frank | 0001 | MTC-00028525
Keene, Richard | 0002 | MTC-00033602
Keene, Richard | 0001 | MTC-00021506
Keener, Gary | 0001 | MTC-00009605
Keener, Glen L. | 0001 | MTC-00026545
Keener, Jimmy | 0001 | MTC-00013265
Keener, John | 0001 | MTC-00005114
Keener, Katherine O. | 0001 | MTC-00031773
keeney, Gregory | 0001 | MTC-00025459
Keenoy, Yvonne | 0001 | MTC-00028693
Keeny, Alex | 0001 | MTC-00013923
Keep, Scott F. | 0001 | MTC-00027622
Keesee, Ted | 0001 | MTC-00008495
Keeshan, Frank | 0001 | MTC-00008296
Keever, Darin | 0001 | MTC-00017979
Kegel, Dan | 0015 | MTC-00028571
Kegel, Dan | 0043 | MTC-00028573
Kegel, Dan | 0001 | MTC-00015050
Kegge, Ronald | 0001 | MTC-00005393
Kehayes, barbara | 0002 | MTC-00030447
Kehl, Jeff | 0001 | MTC-00005955
Kehoe, John | 0001 | MTC-00016319
Kehoe, Miles B. | 0001 | MTC-00010971
Keil, Carl | 0001 | MTC-00028218
Keilig, Brian | 0001 | MTC-00018290
Keilson, Jack | 0001 | MTC-00006860
Keiser, Tom | 0002 | MTC-00003750
Keist, C.J. | 0001 | MTC-00024304
Keitel, Thomas | 0001 | MTC-00016096
Keiter, Regina B. | 0002 | MTC-00022583
Keiter, Thomas | 0001 | MTC-00024237
Keith, Dan | 0001 | MTC-00008445
Keith, Joshua | 0001 | MTC-00023689
Keith, R. | 0001 | MTC-00012185
Keith, Randy | 0001 | MTC-00010005
Keith, Tim | 0001 | MTC-00017386
Keith, William | 0002 | MTC-00024512
keith@ clingers.com | 0001 | MTC-00014523
Kelder, George | 0001 | MTC-00012250
Kellar, Wayne | 0001 | MTC-00020332
Kelleher, Jason | 0002 | MTC-00018116
Kellems, John | 0001 | MTC-00020801
Kellen, Michael | 0001 | MTC-00019421
Keller, C. Faye | 0001 | MTC-00024023
Keller, Casey | 0003 | MTC-00033836
Keller, Casey | 0003 | MTC-00033678
Keller, Christine | 0001 | MTC-00033805
Keller, Christine | 0001 | MTC-00009613
Keller, Criag | 0001 | MTC-00000908
Keller, David | 0001 | MTC-00020015
Keller, David | 0001 | MTC-00001837
Keller, Edward | 0001 | MTC-00006925
Keller, Emil | 0001 | MTC-00011821
Keller, Jim | 0001 | MTC-00014714
Keller, Ken | 0001 | MTC-00025371
Keller, Larry | 0002 | MTC-00003377
Keller, P. A. | 0001 | MTC-00007481
Keller, Ron | 0001 | MTC-00025806
Keller, Ronald | 0002 | MTC-00014631
Keller, SD> andra | 0003 | MTC-00029494
Kellerman, Chris | 0001 | MTC-00015902
Kellermann, Colleen | 0001 | MTC-00013661
Kelley, David | 0001 | MTC-00024855
Kelley, Dennis | 0003 | MTC-00018590
Kelley, Don | 0001 | MTC-00007335
Kelley, Don | 0001 | MTC-00007318
Kelley, Ken | 0001 | MTC-00016362
Kelley, Larry | 0002 | MTC-00032209
Kelley, Leonard | 0001 | MTC-00031147
Kelley, Pat | 0001 | MTC-00017031
Kelley, Robert | 0001 | MTC-00021706
Kelley, Robert | 0001 | MTC-00021707
Kelley, Shane | 0001 | MTC-00010800
Kelling, Verne | 0001 | MTC-00020325
Kellogg, barbara | 0001 | MTC-00006518
Kellogg, Sharon | 0001 | MTC-00012214
Kellshrom, Christine M. | 0001 | MTC-00005997
Kellum, Edward E. | 0001 | MTC-00011984
Kelly | 0001 | MTC-00003460
Kelly Joyce | 0001 | MTC-00013960
Kelly, Jason | 0002 | MTC-00003980
Kelly, Brian | 0002 | MTC-00004457
Kelly, Brian | 0001 | MTC-00004472
Kelly, Brian F. | 0001 | MTC-00000413
Kelly, Brian Hamilton | 0001 | MTC-00018847
Kelly, Carol | 0002 | MTC-00032397
Kelly, Dan | 0001 | MTC-00015707
Kelly, David | 0001 | MTC-00014840
Kelly, James | 0001 | MTC-00018561
Kelly, James | 0001 | MTC-00022423
Kelly, John | 0001 | MTC-00007221
Kelly, Joyce | 0001 | MTC-00029072
Kelly, Julie | 0001 | MTC-00023303
Kelly, Kevin | 0001 | MTC-00002423
Kelly, Kevin and Marjorie | 0001 | MTC-00007348
Kelly, Michael | 0001 | MTC-00006214
Kelly, P. | 0001 | MTC-00002438
Kelly, Paul | 0001 | MTC-00008267
Kelly, Richard B. | 0001 | MTC-00001044
Kelly, Thomas | 0001 | MTC-00032062
kellythm@ hotmail.com | 0001 | MTC-00028154
Kelm., Orie | 0001 | MTC-00007195
Kelsch, Richard | 0002 | MTC-00002917
Kelsey, Landon | 0001 | MTC-00010816
Kelsey, Matt | 0001 | MTC-00022319
Kelton, Jackie | 0001 | MTC-00023221
Kemfe, Konrad M. | 0001 | MTC-00011636
Kemler, Stephen | 0001 | MTC-00018398
Kemmer, Beth | 0001 | MTC-00008131
kemmerz@ home.com | 0001 | MTC-00028171
Kemp, Christopher | 0001 | MTC-00017458
Kemp, Keith | 0001 | MTC-00028826
Kemp, Michael | 0001 | MTC-00003652
Kemperdice, Ralph | 0001 | MTC-00009708
Kempf, Paul A. | 0001 | MTC-00006050
Kempfe, Knorad M. | 0001 | MTC-00000599
Kempfe, Kunrad M. | 0001 | MTC-00008259
Kempfert, Vernon | 0001 | MTC-00029986
ken@ abullseye.com | 0001 | MTC-00014592
Kendig, James | 0001 | MTC-00021686
Kendrick, Francis | 0001 | MTC-00032631
Kenfield, Jim | 0001 | MTC-00023660
Kenfield, Jim | 0001 | MTC-00029450
Kenna, Lee M. | 0001 | MTC-00028330
Kennedy, Bruce | 0001 | MTC-00002496
Kennedy, Carlos | 0001 | MTC-00027814
Kennedy, Dave | 0003 | MTC-00027488
Kennedy, Elizabeth | 0002 | MTC-00024424
Kennedy, Erik | 0001 | MTC-00028885
Kennedy, George | 0002 | MTC-00031884
Kennedy, Ian | 0002 | MTC-00024916
Kennedy, James P. | 0001 | MTC-00019108
Kennedy, Ken | 0002 | MTC-00026928
Kennedy, Lee | 0002 | MTC-00016058
Kennedy, Louise | 0001 | MTC-00010071
Kennedy, Margaret | 0002 | MTC-00033319
Kennedy, Matthew | 0001 | MTC-00003694
Kennedy, Matthew | 0001 | MTC-00024306
Kennedy, Maxie M | 0001 | MTC-00012309
Kennedy, Michael | 0001 | MTC-00033560
Kennedy, Michael J. | 0001 | MTC-00027501
Kennedy, Neil H. | 0001 | MTC-00008593
Kennedy, R. T. | 0001 | MTC-00012892
Kennedy, Richard T. | 0001 | MTC-00002230
Kennedy, Richard T. | 0001 | MTC-00002244
Kennedy, Robert | 0001 | MTC-00018031
Kennedy, Roberta | 0001 | MTC-00021228
Kennedy, Sean | 0001 | MTC-00024341
Kennedy, Stephen J. | 0001 | MTC-00027014
Kennedy, Tony | 0001 | MTC-00005560
Kennedy, Virginia B. | 0001 | MTC-00029204
Kennedy, William | 0001 | MTC-00010961
Kennedy, William | 0001 | MTC-00001904
Kennedy< john | 0001 | MTC-00027686
Kennel, Dave | 0001 | MTC-00003275
Kennell, Richard L. | 0001 | MTC-00027423
Kennen, Vincent | 0002 | MTC-00016548
Kennett, Rick | 0001 | MTC-00025885
Kenney, Brad | 0001 | MTC-00031629
Kenney, Donald | 0001 | MTC-00025800
Kenney, George | 0001 | MTC-00007898
Kenney, Vonnie | 0001 | MTC-00013217
kennhat@ attbi.com | 0001 | MTC-00024795
Kenning, Michael | 0001 | MTC-00016459
Kenny III, William J. | 0001 | MTC-00003007
Kenny, Eric | 0001 | MTC-00004491
Kenny, Michael Patrick and Family | 0001 | MTC-00015798
Kenny, William | 0001 | MTC-00008056
Kent, Derek | 0001 | MTC-00014432
Kent, Derek | 0002 | MTC-00013285
Kent, Ernest | 0001 | MTC-00002801
Kent, Mike | 0001 | MTC-00010317
Kent, Patrick T. | 0001 | MTC-00001313
Kent, William | 0002 | MTC-00033249
kent68@ aol.com | 0001 | MTC-00014506
kentbraun@ home.com | 0001 | MTC-00010389
Kentrup, Barry | 0001 | MTC-00006748
Kenworthy, Charlotte | 0001 | MTC-00007738
kenyon, Gordon H. | 0001 | MTC-00025435
Kenyon, Hal | 0001 | MTC-00011578
Kenyon, Jack S. | 0001 | MTC-00012868
Kenyon, Sanford | 0001 | MTC-00009952
Keogh, Bertha | 0001 | MTC-00011826
Keough, Barbara | 0001 | MTC-00003913
Keough, Bill | 0001 | MTC-00028442
Kepics, Frank M. | 0001 | MTC-00028502
Keplar, Loretta | 0001 | MTC-00023382
Keplar, Thomas | 0001 | MTC-00029372
Keplar, Tom | 0001 | MTC-00009690
Ker, Roger | 0001 | MTC-00021150
Keramidas, Gary | 0001 | MTC-00010799
Keramidas, Gary | 0001 | MTC-00019982
Kerby, Charles and Catherine | 0001 | MTC-00013694
Kerbyson< Gerry | 0001 | MTC-00026203
Kerdig, Brian | 0002 | MTC-00000824
Kerekes, kirk | 0001 | MTC-00021488
Kerin, Britten | 0001 | MTC-00022786
Kerkering, Susan | 0001 | MTC-00022881
Kerlin, Rick | 0001 | MTC-00011991
Kerman, Ronald | 0002 | MTC-00014762
Kern County Hispanic Chamber of Commerce | 0001 | MTC-00031181
Kern, Bud B. | 0001 | MTC-00025423
Kern, Gregory | 0001 | MTC-00005511
Kern, John | 0001 | MTC-00012936
Kern, Ken | 0001 | MTC-00003929
Kern, Ken | 0001 | MTC-00003930
Kernaghan | 0001 | MTC-00024804
Kernayama, Ken | 0001 | MTC-00020045
Kerner, Matt | 0003 | MTC-00016502
Kerner, Sam | 0001 | MTC-00019079
Kerns, Richard | 0001 | MTC-00000882
Kerr, Charles | 0001 | MTC-00018148
Kerr, Charles | 0003 | MTC-00017385
Kerr, Colynn | 0002 | MTC-00001034
Kerr, Francis | 0001 | MTC-00001462
Kerr, John | 0001 | MTC-00007915
Kersey, Michael | 0001 | MTC-00017820
Kersey, Vivian | 0001 | MTC-00012496
Kershner, Sherene | 0001 | MTC-00025230
Kersteen, Robert | 0001 | MTC-00032651
Kerstetter, Bob | 0001 | MTC-00025426
Kert, J.D.G | 0001 | MTC-00013824
Kerze, Joyce | 0001 | MTC-00033857
Kerze, Joyce | 0002 | MTC-00009634
Keselman, George | 0001 | MTC-00010719
Kesler, John | 0001 | MTC-00019533
Kessinger, AG | 0001 | MTC-00013406
Kessler, Charles E. | 0002 | MTC-00030769
Kessler, Charles E. | 0001 | MTC-00007659
Kessler, Evelyn | 0001 | MTC-00028427
Kessler, Jaymin Benjamin | 0002 | MTC-00004690
Kessler, Paul | 0001 | MTC-00008552
Kestenbaum, Lawrence | 0001 | MTC-00017890
Kesting, William R. | 0001 | MTC-00028267
Kestler, Russell | 0001 | MTC-00008853
Keswani, Claude | 0001 | MTC-00014967
Ketcham, Bob | 0001 | MTC-00025948
Ketchel, Frank | 0001 | MTC-00002475
Ketchu, Don | 0001 | MTC-00012409
Keterer, H.D. | 0001 | MTC-00003562
Ketner, Francis | 0001 | MTC-00025554
Ketover, Richard | 0001 | MTC-00006569
Ketoves, Richard | 0001 | MTC-00009804
Ketterer, H. D. | 0001 | MTC-00001969
Ketterson, Tim Sr. | 0001 | MTC-00021109
Kettmann, Greg | 0001 | MTC-00015610
Keultjes, Henry | 0003 | MTC-00028556
Keusemann, Paul | 0001 | MTC-00015453
Kever, Elvin | 0001 | MTC-00005362
Kever, Elvin | 0001 | MTC-00009746
Keville, Jesse | 0001 | MTC-00002641
KEVINRMCD@ HOTMAIL.COM | 0001 | MTC-00010385
Kewley, Josh | 0002 | MTC-00030709
Key, Jeffrey R. | 0001 | MTC-00017636
Key, Rudy | 0001 | MTC-00029697
Key, Scott | 0002 | MTC-00025438
Key, Young Jun | 0001 | MTC-00027339
Keyes, John | 0001 | MTC-00011244
Keyes, Thomas | 0001 | MTC-00002463
Keyes, Vinent Mike | 0001 | MTC-00012422
Keys, Adam | 0001 | MTC-00016448
Keys, Tom | 0003 | MTC-00024585
KFCrabtree@ aol.com | 0001 | MTC-00015985
Kfoury, Eric | 0001 | MTC-00029930
KFred87529@ aol.com | 0001 | MTC-00028910
kfriesen@ ugmstpaul.org | 0001 | MTC-00015865
Khalsa, Mangala Sadu Sangeet Singh | 0001 | MTC-00014936
Khalsa, Satguru | 0001 | MTC-00026255
Khan, Asmat | 0001 | MTC-00028955
Khattab, A.K. | 0001 | MTC-00025513
Khavkine, Igor | 0001 | MTC-00015102
Khoruak, Lucille | 0001 | MTC-00023581
Khosravy, Moe | 0001 | MTC-00020235
Kiang, Jonathan | 0001 | MTC-00027334
Kiani, Tal | 0002 | MTC-00019091
Kianoff, Lisa | 0003 | MTC-00028835
Kiatchuck, Tom | 0002 | MTC-00004556
Kibbe, Sumner | 0001 | MTC-00032858
Kibbe, Sumner | 0001 | MTC-00006947
Kibbe, Sumner | 0001 | MTC-00012748
Kiby, Steve | 0002 | MTC-00028295
Kichler, Brian | 0001 | MTC-00013897
Kichman, Michelle | 0001 | MTC-00013020
Kiciman, Emre | 0001 | MTC-00018634
Kicinski, Stephen | 0001 | MTC-00029909
Kick, Fred | 0001 | MTC-00016026
Kick, M. G. Fred | 0001 | MTC-00004187
Kick, M. G. Fred | 0001 | MTC-00014108
Kick, Stephen | 0001 | MTC-00020138
Kickbusch, Joel | 0001 | MTC-00015603
Kicz, Fred M.G. | 0001 | MTC-00008034
Kidd, Billy | 0001 | MTC-00033020
Kidd, David | 0001 | MTC-00025351
Kidd, Don | 0001 | MTC-00003048
Kidd, Jared | 0001 | MTC-00017430
Kidd, Richard | 0001 | MTC-00023607
Kidder, Chad | 0001 | MTC-00015930
Kieft, Ellen Vande | 0001 | MTC-00022933
Kiekhofer, Mary | 0001 | MTC-00029229
Kieksi, Lauri | 0002 | MTC-00022799
Kiela, Marek | 0001 | MTC-00032789
Kiela, Marek | 0001 | MTC-00033272
Kielpinski, Gerald | 0001 | MTC-00002290
Kienzle, Henry | 0001 | MTC-00006775
Kienzle, Henry | 0001 | MTC-00022517
Kiesling, Donald | 0001 | MTC-00031287
Kiewert, Narcissa | 0001 | MTC-00014036
KIGERWELL@ aol.com | 0001 | MTC-00006789
Kight, Albert | 0002 | MTC-00030664
Kihg, M. J. | 0001 | MTC-00020239
Kihsella, Mary | 0001 | MTC-00031213
Kijanka, David | 0001 | MTC-00001608
Kiker, Thomas | 0001 | MTC-00023880
Kilfoil, Cliff | 0001 | MTC-00003378
Kilgore, Dennis | 0001 | MTC-00031240
Kilgore, Diana | 0002 | MTC-00030863
Kilgore, Jim | 0001 | MTC-00012019
Kilgore, Kathleen | 0001 | MTC-00030362
Kilgore, Terry G. | 0002 | MTC-00031843
Kilgore, William | 0001 | MTC-00016651
Kilhefner, Clark H. | 0001 | MTC-00012575
Killeen, Maureen | 0001 | MTC-00011588
Killer, Mary J. | 0001 | MTC-00030312
Killian, Shane | 0001 | MTC-00015206
Killmer, Dick | 0001 | MTC-00020467
Killmeyer, Ted | 0001 | MTC-00019800
Killorn, Curtis | 0002 | MTC-00012148
Kilmarten, James | 0001 | MTC-00027306
Kilmer, Ray | 0001 | MTC-00008300
Kilna, Anthony | 0001 | MTC-00003632
Kilna, Anthony | 0001 | MTC-00014881
Kilshaw, Hal | 0001 | MTC-00031889
Kilstrom, Derek | 0002 | MTC-00032290
Kim, Brian J. | 0001 | MTC-00013091
Kim, Dong | 0001 | MTC-00003158
Kim, Howard | 0002 | MTC-00023224
Kim, Ted | 0002 | MTC-00004526
Kim, Won | 0001 | MTC-00015849
Kim, Xang | 0001 | MTC-00028481
Kima, Jon | 0001 | MTC-00010451
Kimball, Ken | 0001 | MTC-00017366
Kimball, Michael T. | 0001 | MTC-00001671
Kimball, Tony | 0002 | MTC-00004709
Kimber, W. Lawrence | 0001 | MTC-00010046
Kimber, W. Lawrence | 0001 | MTC-00032476
Kimbrell, Casey | 0001 | MTC-00018548
Kimbrell, Davie | 0001 | MTC-00032880
Kime, Drew | 0001 | MTC-00016261
Kimle, Devin | 0001 | MTC-00031326
Kimmel, Derek | 0001 | MTC-00013026
Kimmel, Jim | 0001 | MTC-00002281
Kimmel, Stanley | 0001 | MTC-00030855
Kimmel, Stanley | 0001 | MTC-00011745
Kimura, James | 0001 | MTC-00021600
Kincaid, Gary | 0001 | MTC-00014178
Kincheloe, Teri | 0001 | MTC-00020657
Kindar, Edile | 0001 | MTC-00031093
Kinder, Fred | 0001 | MTC-00001190
Kindle, Scott | 0001 | MTC-00014163
Kindred, Arthur | 0001 | MTC-00007451
Kindzia, Anthony | 0001 | MTC-00024309
Kine, Peter J. | 0001 | MTC-00024401
King, Austin | 0001 | MTC-00003631
King, Barbara | 0001 | MTC-00012221
King, Barry | 0002 | MTC-00018412
King, Bill | 0001 | MTC-00002112
King, Bryant A. | 0001 | MTC-00005223
King, Bryant A. | 0001 | MTC-00013929
King, Carl | 0002 | MTC-00032442
King, Cory | 0001 | MTC-00001213
King, D. and Judith | 0001 | MTC-00030135
King, Daniel | 0001 | MTC-00008955
King, Darrell | 0001 | MTC-00018498
King, Dean | 0001 | MTC-00005643
King, Deborah | 0001 | MTC-00021120
King, Donald | 0001 | MTC-00017805
King, George | 0001 | MTC-00003503
King, George | 0001 | MTC-00016403
King, George | 0001 | MTC-00030256
King, Hal | 0001 | MTC-00003907
King, Hal | 0001 | MTC-00015508
King, Hawkeye | 0001 | MTC-00003039
King, Howard | 0001 | MTC-00000976
King, James | 0001 | MTC-00032638
King, Jason | 0001 | MTC-00016449
King, JoAnn | 0001 | MTC-00032814
King, Joe | 0001 | MTC-00025494
King, Judith | 0001 | MTC-00005811
King, Kay | 0001 | MTC-00029869
King, Larry | 0001 | MTC-00022148
King, Malcolm C. | 0001 | MTC-00008303
King, Marilyn | 0001 | MTC-00012653
King, Mark | 0001 | MTC-00029796
King, Michael | 0001 | MTC-00016359
King, Michael | 0001 | MTC-00005303
King, Michael | 0001 | MTC-00014187
King, P.G. | 0001 | MTC-00010115
King, Rich | 0001 | MTC-00009876
King, Steve | 0002 | MTC-00032156
King, Steve | 0001 | MTC-00029912
King, Thomas | 0001 | MTC-00004875
King-Smith, Oliver | 0002 | MTC-00019551
Kingaby, Jonathan | 0001 | MTC-00004624
Kingsbury, David | 0001 | MTC-00016814
Kingsley, Cindy | 0001 | MTC-00020955
Kingsley, Cindy | 0001 | MTC-00020956
Kingsley, Spike | 0001 | MTC-00019557
Kingston, Doug | 0001 | MTC-00018742
Kink, Frank | 0001 | MTC-00023306
Kinkendall, Creighton | 0001 | MTC-00024026
Kinlund, Conlin | 0001 | MTC-00025760
Kinney, Robert | 0002 | MTC-00033286
Kinney, Steve | 0002 | MTC-00004044
Kinot, John | 0001 | MTC-00016867
Kinsella, John | 0001 | MTC-00013035
Kinsella, Mary | 0001 | MTC-00009251
Kinser, Jeremy | 0001 | MTC-00018664
Kintigh, Seth Alan | 0001 | MTC-00023139
Kinzel, Becky T. | 0002 | MTC-00030098
Kinzel, Shawn | 0001 | MTC-00018187
Kinzer, Cheri and Michael | 0001 | MTC-00013973
Kinzie, Mark | 0002 | MTC-00013391
Kinzler, Gordon J. | 0001 | MTC-00007757
Kinzler, Ross | 0001 | MTC-00024739
Kipp, Carl | 0002 | MTC-00022198
Kipp, Carl | 0003 | MTC-00028503
Kirby, Eileen | 0001 | MTC-00030319
Kirby, Jim D. | 0001 | MTC-00028730
Kirby, Josh | 0001 | MTC-00015251
Kirby, Josh | 0001 | MTC-00015245
Kirby, Mark | 0001 | MTC-00023558
Kirby, Melissa A. | 0002 | MTC-00010945
Kirby, Phillip | 0001 | MTC-00005690
Kirby, Raymond | 0002 | MTC-00010635
Kirby, Raymond | 0002 | MTC-00014300
Kirch, Peter | 0001 | MTC-00024014
Kirchner, Ken | 0001 | MTC-00017000
Kirchofer, Holly | 0001 | MTC-00009565
Kirchofer, Richard A. | 0001 | MTC-00009216
Kiriten, Mike | 0001 | MTC-00028497
Kirk, Diane | 0001 | MTC-00010185
Kirk, Janet | 0001 | MTC-00011828
Kirk, Jeffrey | 0001 | MTC-00031062
Kirk, Julie | 0001 | MTC-00008645
Kirk, Michael | 0001 | MTC-00022330
Kirk, Michael | 0001 | MTC-00006744
Kirk, Phillip J., Jr. | 0002 | MTC-00031381
Kirk, Tom | 0001 | MTC-00008920
Kirkbride, Brian | 0001 | MTC-00017810
Kirkconnell, Matthew | 0001 | MTC-00016632
Kirkendall, Gregory A. | 0001 | MTC-00016874
Kirkland, Douglas | 0001 | MTC-00016590
Kirkland, Marylynne | 0001 | MTC-00028968
Kirkpatrick, James | 0001 | MTC-00011405
Kirkpatrick, James S. | 0001 | MTC-00005611
Kirkpatrick, Jean | 0001 | MTC-00012472
Kirkwood, Robert S. | 0001 | MTC-00009443
Kirkwood, Tom | 0001 | MTC-00011065
Kirsch, Phillip | 0001 | MTC-00030774
Kirshbaum, John | 0001 | MTC-00003758
Kirtley, Bill | 0001 | MTC-00028305
Kirton, Paul | 0001 | MTC-00008940
Kisch, Mike | 0002 | MTC-00032179
Kisch, Mike | 0001 | MTC-00013936
Kiser, Edward | 0001 | MTC-00027328
Kiser, Richard | 0001 | MTC-00022479
Kishman, Joseph | 0001 | MTC-00030306
Kisner, David | 0001 | MTC-00014091
Kisner, Ted | 0001 | MTC-00016703
Kiss, Richard | 0001 | MTC-00017018
Kissell, Richard | 0001 | MTC-00029319
Kistler, Howard | 0002 | MTC-00032719
Kit, Jonathan | 0003 | MTC-00031530
Kitchen, Don | 0003 | MTC-00026297
Kitchen, Michael | 0002 | MTC-00009816
Kitchenman, Joseph | 0001 | MTC-00025084
Kitchin, Anthony James | 0001 | MTC-00018626
Kittelman, Marilyn | 0001 | MTC-00032995
Kitten, Latisha | 0001 | MTC-00022113
Kittle, Paul | 0001 | MTC-00020620
Kittle, Paul A. | 0001 | MTC-00005559
Kittley, Dave | 0001 | MTC-00008002
Kitts, D. Frank | 0002 | MTC-00027656
Kitzmann, Gene | 0001 | MTC-00025476
Kivell, Leo | 0002 | MTC-00025410
Kizer, Phillip | 0001 | MTC-00024436
Kjacob!@ thurston.com | 0001 | MTC-00011296
Kjar, Dave | 0003 | MTC-00000564
kjb.ims@ juno.com | 0001 | MTC-00017323
Kjo-Rstad, Eivinel | 0001 | MTC-00016056
kjones@ saicapital.com | 0001 | MTC-00024248
kkbrown2 | 0001 | MTC-00021382
kkidder778@ aol.com | 0001 | MTC-00028631
Klaas, James | 0002 | MTC-00004196
Klafter, Alex | 0001 | MTC-00022989
Klages, George | 0002 | MTC-00032267
Klages, George | 0002 | MTC-00032469
Klahn, Robert A. | 0002 | MTC-00020056
Klai@ curly.bitmotel.com | 0001 | MTC-00002272
Klain, Ronald | 0127 | MTC-00028284
Klan, Eleanor | 0001 | MTC-00033502
Klapp, John | 0001 | MTC-00000142
Klapp, John | 0001 | MTC-00016408
Klappenbach, Doug | 0001 | MTC-00005491
Klaser, Kent | 0001 | MTC-00021015
Klass, Margaret | 0001 | MTC-00021022
Klassen, Kelly | 0001 | MTC-00031903
Klassen, Mark | 0001 | MTC-00021943
Klatchko, Samuel | 0001 | MTC-00023472
Klaus, Mike | 0001 | MTC-00002600
Klausnh@ VolksParts.com | 0001 | MTC-00011442
Klega, Doris | 0001 | MTC-00007606
Kleier, Jorden R. | 0001 | MTC-00017021
Kleiman, Bernice | 0001 | MTC-00026629
Klein, Audrey | 0001 | MTC-00008516
Klein, Carla | 0001 | MTC-00005194
Klein, Carol Dixon | 0001 | MTC-00012017
Klein, Chaim | 0001 | MTC-00009455
Klein, Charles | 0001 | MTC-00006027
Klein, Christian | 0001 | MTC-00009521
Klein, Edmund J. | 0001 | MTC-00024432
Klein, Jerry | 0001 | MTC-00014363
Klein, Joe | 0001 | MTC-00015017
Klein, Karl | 0001 | MTC-00025086
Klein, Michael | 0001 | MTC-00024541
Klein, Mike | 0001 | MTC-00026196
Klein, Patrick | 0001 | MTC-00002491
Klein, Roderick | 0001 | MTC-00002034
Klein, Sharon | 0002 | MTC-00014475
Klein, Stanley | 0003 | MTC-00025090
Kleinbach, Rod | 0001 | MTC-00017492
Kleinbart, Morrie | 0001 | MTC-00020649
Kleinbart, Morrie | 0001 | MTC-00020650
Kleindorfen, Dennis | 0001 | MTC-00032588
Kleindorfer, Dennis | 0001 | MTC-00022455
Kleinknecht, Carole | 0001 | MTC-00022553
Kleinknecht, David | 0001 | MTC-00013273
Kleinknecht, Glen | 0001 | MTC-00027215
Kleinknecht, Paul W. | 0001 | MTC-00026736
Kleinknecht, Sarah | 0001 | MTC-00026790
Kleinknecht, Sarah E. | 0001 | MTC-00027922
Kleinpeter, Richard | 0001 | MTC-00013006
Kleivers, Ann | 0001 | MTC-00031500
Klem, Thomas | 0001 | MTC-00003333
Klements, Edward | 0001 | MTC-00006470
Klemm, John | 0002 | MTC-00013903
Klemm, John D. | 0001 | MTC-00007407
Klemm, Todd | 0001 | MTC-00016429
Klempel, John | 0001 | MTC-00025897
Klemsrud, Jason | 0001 | MTC-00024024
Kleppinger, Gerald | 0001 | MTC-00026172
Klessig, Donna | 0001 | MTC-00021662
Klestinez, Martino | 0002 | MTC-00003384
Kletnieks, Valdis | 0001 | MTC-00017997
Klett, Daniel John | 0001 | MTC-00013778
Kleyensteuber, Donald | 0001 | MTC-00026892
Kleyin, Edward | 0001 | MTC-00015587
Klick, Chris | 0001 | MTC-00013949
Klick, Luther | 0002 | MTC-00033114
Klier, DV | 0002 | MTC-00033288
Klimer, Joe | 0001 | MTC-00003722
Klindworth, Kris | 0001 | MTC-00025149
Kline, Harold | 0001 | MTC-00027848
Kline, J. Peter | 0001 | MTC-00009169
Kline, James | 0001 | MTC-00029459
Kline, Richard D. | 0001 | MTC-00013126
Kline, Robert | 0001 | MTC-00027297
Kline, Robert | 0001 | MTC-00026819
Kline, William | 0001 | MTC-00007769
Klinect, Thomas | 0002 | MTC-00031034
Klinect, Thomas J. | 0003 | MTC-00010057
Kliner, Dhav | 0001 | MTC-00001014
Kling, Herman | 0004 | MTC-00026175
Klinger, Ken | 0001 | MTC-00005881
Klingsporn, Geoff | 0001 | MTC-00018793
Klinker, Richard | 0001 | MTC-00011634
Kloepper, Dan | 0001 | MTC-00003926
Klohr, Leo | 0003 | MTC-00000655
Klohr, Leo | 0002 | MTC-00000656
Klomps, Han | 0001 | MTC-00001925
KlondikeC@ aol.com | 0001 | MTC-00007525
Klope, Scan | 0001 | MTC-00009320
Klopfenstein, Joel | 0001 | MTC-00005658
Klopp, Andrew | 0001 | MTC-00016284
Klopstad, J. Marvin | 0001 | MTC-00027312
Kloss, Peter | 0003 | MTC-00027979
Klouda, Paul | 0001 | MTC-00020408
Kluczytsky, Christian | 0001 | MTC-00027507
Klueber, Bill | 0001 | MTC-00012579
Klueber, Bill | 0001 | MTC-00032710
Klug, Kevin | 0001 | MTC-00021562
Klug, Scott | 0002 | MTC-00031264
Klughers, Dorothy | 0002 | MTC-00030513
Kluherz, Robert | 0001 | MTC-00002798
Kluherz, Robert | 0001 | MTC-00019243
Klung, Brad | 0001 | MTC-00031535
Kluthe, Linda | 0001 | MTC-00026513
Kluthe, Linda | 0001 | MTC-00007387
kmaljak@ washingtontimes.com | 0001 | MTC-00014580
kmaxwell@ fabio-perini.com | 0001 | MTC-00024821
kmbrink@ regerce.com | 0001 | MTC-00017254
kmessner@ worldnet.att.net | 0001 | MTC-00021963
kmiller@ goldshield | 0001 | MTC-00014517
kmm2000@ webtv.net | 0001 | MTC-00011131
kmr@ wmblair.com | 0001 | MTC-00013335
Knab, Theodore | 0001 | MTC-00027208
Knab, Theodore | 0001 | MTC-00027212
Knack, Fredrick H. | 0001 | MTC-00018833
Knapka, Joseph A. | 0001 | MTC-00023035
Knapp, Bob | 0001 | MTC-00021212
Knapp, Cynthia | 0001 | MTC-00012675
Knapp, Eloise | 0001 | MTC-00027005
Knapp, Jeff | 0002 | MTC-00024946
Knapp, Richard | 0001 | MTC-00020445
Knarabe, Amol | 0001 | MTC-00017024
Knaus, Larenz | 0002 | MTC-00014634
Knebel, Felix | 0002 | MTC-00032499
Knecht, Roy | 0001 | MTC-00006983
Kneeland, John | 0001 | MTC-00013116
Kneen, James | 0001 | MTC-00020492
Kneppar, Stanley | 0002 | MTC-00009157
Kneppar, Stanley | 0001 | MTC-00030854
Kneppar, Stanley R. | 0001 | MTC-00005883
kneppar@ mediaone.net | 0001 | MTC-00024273
Knepper, Jan | 0002 | MTC-00021161
Knepper, Ross | 0002 | MTC-00015469
Knepper, Stanley | 0001 | MTC-00000956
Kneps, Jerry | 0002 | MTC-00009023
Kneuper, Jim | 0001 | MTC-00010175
Kngibson@ hotmail.com | 0001 | MTC-00011433
knick, Eric | 0001 | MTC-00010167
Knickshl | 0001 | MTC-00026107
Knight, Cynthia | 0001 | MTC-00012247
Knight, David | 0001 | MTC-00022759
Knight, David | 0001 | MTC-00031748
Knight, Gordon | 0001 | MTC-00006759
Knight, Michael | 0001 | MTC-00005216
Knight, Paul | 0001 | MTC-00032962
Knight, Ralph | 0001 | MTC-00029999
Knipp, Eric | 0001 | MTC-00017644
Knirk, Eric | 0001 | MTC-00010168
Knittel Mabry, Christie | 0001 | MTC-00031679
Knoblauch, Mariette | 0001 | MTC-00024524
Knobler, Al | 0001 | MTC-00005954
Knoepfel, Walter | 0002 | MTC-00033480
Knoff, Keith | 0001 | MTC-00020361
Knohl, Kyle | 0002 | MTC-00014403
Knoll, Arthur | 0002 | MTC-00015778
Knoll, Jim | 0001 | MTC-00015078
Knoll, John | 0001 | MTC-00022812
Knoll, Mark | 0002 | MTC-00031678
Knopf, Stephen | 0001 | MTC-00032025
Knorr, Rosemarie | 0001 | MTC-00026431
Knotts, Brian | 0001 | MTC-00017039
Knouse, Russell | 0001 | MTC-00021445
Knowles, Doug | 0002 | MTC-00001357
Knowles, Gail | 0001 | MTC-00002060
Knowles, Harvey and Charlene | 0001 | MTC-00033209
Knowlton, Timothy | 0001 | MTC-00022132
Knox, Colin | 0001 | MTC-00018441
Knox, Dan | 0001 | MTC-00031534
Knox, Donald E. | 0001 | MTC-00002400
Knox, John | 0002 | MTC-00013050
Knox, Richard | 0001 | MTC-00023739
Knox, T. Gregory | 0002 | MTC-00002263
knstreck@ pionet.net | 0001 | MTC-00010372
Knudsen, Maurice | 0001 | MTC-00012237
Knudsen, Maurice | 0001 | MTC-00009375
Knudsen, Mauridce | 0001 | MTC-00020713
Knudson, Delmar | 0001 | MTC-00012787
Knudstrup, Eric | 0001 | MTC-00018185
Knutson, John | 0001 | MTC-00007036
Knutson, John | 0001 | MTC-00031167
Knutson, Paul | 0001 | MTC-00028583
Koach, Eric | 0001 | MTC-00005729
Kober, James H. | 0001 | MTC-00005943
Kobiec, Alexander R. | 0001 | MTC-00029286
Kobler, Helmut | 0001 | MTC-00013981
Kobrin, Eric | 0002 | MTC-00015067
Koby | 0001 | MTC-00002659
Koby | 0001 | MTC-00004276
Koch, Barb | 0001 | MTC-00033597
Koch, Blaise | 0001 | MTC-00022306
Koch, Dick | 0001 | MTC-00006859
Koch, Frank | 0001 | MTC-00010615
Koch, Gene | 0001 | MTC-00020860
Koch, Greg | 0002 | MTC-00019965
Koch, Robert | 0002 | MTC-00033208
Koch, Rodney | 0001 | MTC-00019289
Kochanek, Donald | 0001 | MTC-00029287
Kocher, Christa | 0001 | MTC-00025570
Kocher, Ira | 0001 | MTC-00025827
Kocher, Jordana | 0001 | MTC-00024816
Kocsis, Jeannine | 0002 | MTC-00033251
Kocurek, Helga | 0001 | MTC-00000051
Kocurek, Helga | 0001 | MTC-00000053
Kocurek, Helga | 0001 | MTC-00000344
Kocurek, Helga | 0001 | MTC-00000349
Kocurko, Tony | 0002 | MTC-00004495
Kocurko, Tony | 0001 | MTC-00004499
Koedel, Gil | 0001 | MTC-00012540
Koedel, Gilbert | 0001 | MTC-00031271
Koehler, Stephen | 0001 | MTC-00032563
Koehn, Mike | 0001 | MTC-00014080
Koelder, El Lois | 0001 | MTC-00001769
Koelling, I.C. | 0001 | MTC-00024643
Koen, John F. | 0001 | MTC-00001741
Koenecke, Michael A. | 0001 | MTC-00024202
Koenig, Gerald | 0001 | MTC-00020892
Koenig, John | 0001 | MTC-00002106
Koenig, Josh | 0001 | MTC-00020168
Koenig, Mike | 0001 | MTC-00020766
Koenig, Philip | 0002 | MTC-00024133
Koenig, Richard | 0001 | MTC-00031556
Koenigsberg, Paul | 0002 | MTC-00017179
Koepcke, Karsten | 0001 | MTC-00004391
Koepcke, Karsten | 0001 | MTC-00010145
Koepcke, Karsten | 0001 | MTC-00012397
Koester, Susie | 0003 | MTC-00024748
Koestler, Jim | 0001 | MTC-00011251
Koether, Diana | 0001 | MTC-00030399
Koetsier, John | 0001 | MTC-00016342
Kofford, Rex and Alene | 0001 | MTC-00026752
Kofford, Todd | 0001 | MTC-00017825
Kofman, Arkady | 0005 | MTC-00002114
Kofoed, Reed | 0002 | MTC-00014428
Koger, John | 0001 | MTC-00016848
Kogut, Vladimir | 0001 | MTC-00004106
Kogut, Vladmir G | 0001 | MTC-00024382
Koh, Bob | 0001 | MTC-00021786
Kohagen Jessica | 0001 | MTC-00027504
Kohagen, Jesseca | 0001 | MTC-00033561
Kohan, Shahin | 0001 | MTC-00030793
Kohl, Herb | 0006 | MTC-00030603
Kohl, Neil | 0001 | MTC-00028694
Kohl, Thomas | 0001 | MTC-00005642
Kohler, Charles H. | 0002 | MTC-00013950
Kohler, Ivan | 0001 | MTC-00021025
Kohler, Richard | 0001 | MTC-00029998
Kohlman, Herman | 0002 | MTC-00032164
Kohn, Geoffrey | 0001 | MTC-00005558
Kohn, Russell | 0001 | MTC-00002850
Kohrz, Dean | 0001 | MTC-00017813
Kojis, Ferd | 0001 | MTC-00030916
Kojis, Kathleen | 0001 | MTC-00031025
Koken, Bernd | 0002 | MTC-00033030
Kokoski, Richard | 0001 | MTC-00002769
Kolaci, Brian | 0001 | MTC-00024243
Kolb, Jack | 0002 | MTC-00027860
Kolb, Stephen L. | 0001 | MTC-00022528
Kolden, Lawrence M. | 0001 | MTC-00012804
Kolehmainen, Casey | 0001 | MTC-00020850
Kolev, Bobby | 0002 | MTC-00033174
Kolins, Steven | 0001 | MTC-00002073
Kolitz, Mike | 0001 | MTC-00000097
Koller, Grete | 0002 | MTC-00033328
Kollmansberger, Don | 0001 | MTC-00007428
Kolmar, John | 0001 | MTC-00021644
Kolmar, Mark | 0001 | MTC-00019007
Koln, Nick | 0001 | MTC-00001531
Kolpf, Lynne | 0001 | MTC-00015561
Kolpies, Timothy | 0001 | MTC-00030366
Koltun, Robert | 0001 | MTC-00029607
Kolurko, Anthony | 0001 | MTC-00030640
Kolwicz, Al | 0002 | MTC-00019419
Komaki-Wood, Andrew | 0001 | MTC-00003123
Komarek, Paul | 0003 | MTC-00020249
Komarnitsky, Myke | 0001 | MTC-00016282
Konar, Brian | 0001 | MTC-00013739
Konneker, Neal T. | 0001 | MTC-00004437
Konopka, John | 0001 | MTC-00001418
KonradKO (FFF)odziejczyk | 0001 | MTC-00023269
Koodziejczyk, Konard | 0001 | MTC-00003893
Koodziejczyk, Konrad | 0001 | MTC-00010704
Kool, Johan | 0001 | MTC-00002049
Koons, Glenn | 0001 | MTC-00024649
Kooty, Lauren | 0001 | MTC-00028409
Kopacz, Bill | 0001 | MTC-00003293
Kopecki, Ron | 0001 | MTC-00009913
Kopenskey, Larry | 0003 | MTC-00021333
Kopf, Robert | 0001 | MTC-00018749
Koplowitz, Virginia | 0001 | MTC-00006379
Kopp, Brian | 0002 | MTC-00007740
Kopp, John | 0002 | MTC-00028530
Kopp, Kerry | 0001 | MTC-00017464
Kopp, Lewis | 0002 | MTC-00025073
Koppe, Brian | 0002 | MTC-00018682
Koppenhoefer, Jon | 0002 | MTC-00032216
Koralesky, Barron | 0001 | MTC-00024506
Koranda, William | 0001 | MTC-00012591
Koranda, William F. | 0001 | MTC-00031990
Korb, Phyllis | 0001 | MTC-00018475
Korch, Amine | 0001 | MTC-00016911
Kordieh, Yaw | 0001 | MTC-00027031
Koren, Ted | 0001 | MTC-00026285
Korey, George | 0001 | MTC-00008244
Korman, Jonathan | 0001 | MTC-00018756
Kormanik, Ben | 0001 | MTC-00029723
Korn, Ann | 0001 | MTC-00026117
Korn, Joyce | 0001 | MTC-00029448
Korn, Norma | 0001 | MTC-00008128
Korn, Norma | 0001 | MTC-00011999
Kornack, Tom | 0001 | MTC-00003898
Kornegay, Michael L. | 0002 | MTC-00004072
Korneggy, Curtis | 0001 | MTC-00014682
Kornelis, Mitch | 0001 | MTC-00019074
Kornet, John | 0001 | MTC-00032090
Kornick, Adam | 0017 | MTC-00015835
Kornick, Adam m. | 0001 | MTC-00003605
Korniski, Ronald J. | 0001 | MTC-00002194
Kornman, P.T. | 0001 | MTC-00015106
Korolevich, Mark | 0001 | MTC-00005381
Korrell, Harry | 0001 | MTC-00021335
Korver, Brian | 0001 | MTC-00025523
Koscielny, Al | 0001 | MTC-00004867
Kosky, John | 0001 | MTC-00029847
Kosnik, Benjamin | 0001 | MTC-00027532
Kossack, Jerry | 0001 | MTC-00031489
Kossler, W. J. | 0001 | MTC-00002373
Kossman, Donald R. | 0002 | MTC-00030757
Kossman, Robert | 0001 | MTC-00008494
Kostenbauder, Sharon | 0001 | MTC-00024103
Koster, H. William | 0001 | MTC-00006505
Koster, Robert | 0002 | MTC-00033395
Kostrava, Jim | 0001 | MTC-00009773
Kostrzewa, James | 0001 | MTC-00030962
Kosty, Barbara | 0001 | MTC-00006791
Kosvanec, Richard | 0001 | MTC-00026042
Kot, J.R> | 0001 | MTC-00027796
Kothari, Nikhil | 0001 | MTC-00020230
Kottal, JL | 0002 | MTC-00025427
Kottmair, Daniel | 0002 | MTC-00002216
Kotyuk, Gerald | 0001 | MTC-00012269
Kotyuk, Jerry and Debbie | 0001 | MTC-00014831
Koufos, Peter | 0001 | MTC-00023542
Koufus@ pacbell.net | 0001 | MTC-00028764
Koury, Al | 0001 | MTC-00009753
Kousaleos, George M. | 0001 | MTC-00011929
Koutropoulos, Apostolos | 0002 | MTC-00013330
Koutroumanidis, Jordan | 0001 | MTC-00001760
Koutzoumis, Clio | 0001 | MTC-00031089
Koutzoumis, Clio | 0001 | MTC-00006737
Kovach, George | 0001 | MTC-00023345
Kovacs, Don | 0001 | MTC-00010649
Kovacs, George | 0002 | MTC-00032519
Kovacs, Niki | 0001 | MTC-00023909
Koval, Carol | 0001 | MTC-00031441
Koval, John | 0001 | MTC-00007930
Koval, John | 0001 | MTC-00031450
Koval, John S. | 0002 | MTC-00032040
Kovalsky, Julian | 0001 | MTC-00014019
Kovalsky, Julian | 0001 | MTC-00001220
Kowalczyk, Elizabeth | 0001 | MTC-00007582
Kowalczyk, Richard | 0001 | MTC-00015669
Kowalksi, G. | 0001 | MTC-00011994
Kowalski, Leo | 0001 | MTC-00001347
Kowell, Bob | 0001 | MTC-00014330
Kown, Richard | 0002 | MTC-00031872
Kown, Wilson | 0002 | MTC-00033526
Kowrek, James | 0001 | MTC-00000172
Kozdra, Jason | 0001 | MTC-00009407
Kozimor, Nick | 0001 | MTC-00008125
Kozimor, Nick | 0001 | MTC-00026055
Koziol, Dave | 0001 | MTC-00002252
Kozlowski, Ludwik | 0001 | MTC-00010595
Kozlowski, Ludwik | 0001 | MTC-00029145
Kozojed, Sharon and Anthony | 0001 | MTC-00007972
Kozy, Jeffrey J. | 0001 | MTC-00007570
kpetraro@ aol.com | 0001 | MTC-00014529
kphillips@ tippertie.com | 0001 | MTC-00014591
Kraatz, Robert G. | 0001 | MTC-00020286
Kraatz, Robert G. | 0001 | MTC-00009912
Krabill, Keith | 0001 | MTC-00000977
Krabill, Keith | 0001 | MTC-00015018
Kraemer, Fred and Marie | 0001 | MTC-00009874
Kraemer, John | 0001 | MTC-00013215
Kraemer, John | 0001 | MTC-00026438
Kraft, Arnold | 0001 | MTC-00010772
Kraft, Ray | 0002 | MTC-00009770
Kraft, Ray | 0001 | MTC-00032444
Kraig, Don | 0001 | MTC-00001623
Kralik, David W. | 0001 | MTC-00010026
Kralik, James | 0001 | MTC-00007379
Krall, Carl | 0002 | MTC-00002814
Kramer, David | 0001 | MTC-00017519
Kramer, Delores S. | 0001 | MTC-00006599
Kramer, janice | 0002 | MTC-00024894
Kramer, Jeff | 0001 | MTC-00014866
Kramer, Ken | 0001 | MTC-00002825
Kramer, Randy | 0002 | MTC-00014384
Kramer, Seth D. | 0001 | MTC-00000435
Kramlich, Shirlain | 0001 | MTC-00014127
Krance, Robert | 0001 | MTC-00007962
Krannawitter, Art | 0001 | MTC-00024841
Krantz, Joe | 0001 | MTC-00006688
Krasnoff, Sanford | 0001 | MTC-00030819
Krass, Jim | 0001 | MTC-00011478
Kratzer, Shirley | 0001 | MTC-00030770
Kraurec, Joyce | 0001 | MTC-00008065
Krause, Deborah | 0001 | MTC-00031344
Krause, Don | 0001 | MTC-00019216
Krause, Randall | 0002 | MTC-00025626
Krausher, Peter | 0001 | MTC-00005724
Kraut, Michael J. | 0001 | MTC-00012564
Krauth, Stephen | 0001 | MTC-00020042
Krautle, Jason | 0001 | MTC-00003445
Krayton, Mitch | 0002 | MTC-00018091
Krebs, Tami | 0001 | MTC-00026886
Krebser, Kathleen | 0001 | MTC-00031537
Krechmer, Ken | 0001 | MTC-00000296
Krefft, Marina | 0002 | MTC-00019976
Krehbiel, Phyllis | 0001 | MTC-00006457
Kreienkamp, Scot | 0001 | MTC-00001112
Kreiger, Wendy | 0006 | MTC-00024015
Kreinbrink, Jim | 0001 | MTC-00004099
Kreis, Jeff | 0001 | MTC-00019531
Kreitzberg, Fred | 0001 | MTC-00002609
Krejcik, Christian | 0001 | MTC-00032071
Kremer, Sandy | 0001 | MTC-00023252
Kremkus, Manfred | 0001 | MTC-00012335
Kreppar, Stanley R. | 0001 | MTC-00012151
Kreps, Jerry | 0002 | MTC-00008954
Kreps, Jerry | 0003 | MTC-00000937
Kreps, Jerry | 0002 | MTC-00004224
Kreuser, Jim | 0002 | MTC-00027673
Kreuter, L. | 0001 | MTC-00007649
Kreutzberg, Curtis | 0001 | MTC-00010574
Krewall, Mel | 0001 | MTC-00024066
Kreymborg, Leo | 0002 | MTC-00014125
Kricz, Nathan | 0001 | MTC-00000950
Kriedman, Warren | 0001 | MTC-00023975
Krieger, Keith | 0002 | MTC-00003691
Krieger, William | 0001 | MTC-00003205
Krier, Stanley | 0002 | MTC-00033324
Krinkal@ aol.com | 0001 | MTC-00008815
Kris, David | 0001 | MTC-00022694
Kris, Lilley | 0002 | MTC-00018280
Krist, Joel | 0001 | MTC-00009063
Krist, Michael | 0001 | MTC-00013170
Kristan, Bill | 0002 | MTC-00018054
Kristjansson, Carol | 0001 | MTC-00019871
Kristjansson, John | 0001 | MTC-00004370
Kritikos, Alex | 0001 | MTC-00015321
Kroells, Daniel D. | 0001 | MTC-00015435
Krogh, Fred | 0001 | MTC-00003731
Krogh, Steve | 0001 | MTC-00004874
Krogol, R. | 0001 | MTC-00001701
Krohn, Charlie | 0001 | MTC-00000145
Kroll, Dave | 0001 | MTC-00023123
Kroll, John | 0002 | MTC-00016260
Kroll, Marian | 0001 | MTC-00023793
Kroll, William | 0001 | MTC-00014132
Krolosky, Thomas | 0002 | MTC-00033522
Krom, Kyle R. | 0002 | MTC-00018305
Kromer, Philip | 0001 | MTC-00020004
Kromholz, Seth | 0001 | MTC-00025301
Kromwiede, David | 0001 | MTC-00019845
Kron, Kenneth | 0002 | MTC-00011823
Kronz, ronald | 0001 | MTC-00015674
Kronz, Ronald | 0001 | MTC-00015749
Kroon, Gail | 0001 | MTC-00007474
Kropf, Jon | 0001 | MTC-00018198
Krothapalli, Crish | 0001 | MTC-00026779
Krough, Jerome | 0001 | MTC-00004840
Krough, Jerome | 0001 | MTC-00019051
Krozser, Kassia | 0001 | MTC-00000451
Krueger, Benjamin | 0001 | MTC-00014954
Krueger, Jon | 0001 | MTC-00022047
Krueger, Ryan | 0001 | MTC-00020224
Kruelen, Brian | 0001 | MTC-00015270
Kruempelstaedter, Kerry | 0001 | MTC-00018385
Krug, James | 0001 | MTC-00033166
Krug, Jim | 0001 | MTC-00007223
Krug, Joseph | 0001 | MTC-00019453
Krug, Joseph D. | 0001 | MTC-00026294
Kruglov, Volodymeyr | 0002 | MTC-00004572
Krukar, Richard | 0002 | MTC-00017438
Krukin, Jeff | 0002 | MTC-00013359
Krum, Gordon | 0001 | MTC-00002612
Krum, Gordon | 0002 | MTC-00004643
Krum, Robert J. | 0001 | MTC-00019658
Krumbach, Alexander | 0002 | MTC-00027121
Krumnon, Shelley | 0002 | MTC-00014419
Krumwiede, Kevin | 0002 | MTC-00027644
Krupa, Kenneth | 0001 | MTC-00003094
Krupuff, Marty | 0001 | MTC-00005629
Kruse, Daniel | 0001 | MTC-00027203
Kruse, Jake | 0001 | MTC-00012886
Kruth, Harvey | 0001 | MTC-00012065
Krutsinger, Kenneth | 0001 | MTC-00003454
Krutz, Jamie | 0002 | MTC-00024554
Krvaric, Rikard | 0002 | MTC-00032202
Krvaric, Silvio | 0001 | MTC-00006400
Krvaric, Tony P. | 0002 | MTC-00006009
Krystyniak. Mary | 0001 | MTC-00013727
Kshan36633@ aol.com | 0001 | MTC-00007951
Kshedd@ indy.rr.com | 0001 | MTC-00016030
Ku, Alice | 0003 | MTC-00014469
Kuabbenhaft, Matt | 0002 | MTC-00022879
Kuam, Lloyd | 0001 | MTC-00022800
Kuan, Andrew | 0001 | MTC-00018308
Kubalak, David | 0001 | MTC-00004916
Kuban, Scott | 0001 | MTC-00001074
Kubec, Beverly | 0001 | MTC-00020795
Kubera, Bob | 0001 | MTC-00023900
Kubli, Walter | 0001 | MTC-00012183
Kucera, Christopher J. | 0001 | MTC-00015622
Kuckock, Scott | 0001 | MTC-00018517
Kuder, David | 0002 | MTC-00023158
Kudla, Robert | 0001 | MTC-00022276
Kudzol, Joseph | 0002 | MTC-00033077
Kuebelbeck, Jason | 0001 | MTC-00014055
Kuechmann, Maria | 0001 | MTC-00007959
Kueneman, Jack | 0001 | MTC-00005864
Kuenning, Geoff | 0001 | MTC-00020201
Kuenzi, Andrew | 0002 | MTC-00004736
Kuenzli, Ab | 0001 | MTC-00025768
Kuenzli, Stephen | 0001 | MTC-00020211
Kueppers, William | 0001 | MTC-00019023
Kugler, Joshua J. | 0001 | MTC-00018896
Kuhle, William | 0001 | MTC-00013621
Kuhlman, Kenny | 0001 | MTC-00012973
Kuhnemund, Margaret | 0001 | MTC-00031107
Kuhns, Matt | 0002 | MTC-00023740
Kuja, Trance | 0001 | MTC-00026531
Kukla, Jim | 0001 | MTC-00027650
Kulaga, Tom | 0001 | MTC-00033260
Kulago, Tim | 0001 | MTC-00024997
Kulda, Peter | 0001 | MTC-00010238
Kulina, Marty | 0001 | MTC-00007795
Kulkami, Shanti | 0001 | MTC-00028270
Kulkarni, Nagar | 0001 | MTC-00023480
Kulkis, Aaron R. | 0001 | MTC-00004546
Kull, Jim | 0001 | MTC-00027693
Kull, Peter | 0001 | MTC-00021937
Kulle, Cynthia | 0001 | MTC-00029943
Kulp, Al | 0001 | MTC-00005499
Kumar, Mudit | 0001 | MTC-00006909
Kumarjit, Ray | 0002 | MTC-00009507
Kumpf, John | 0001 | MTC-00004203
Kumsaen, Tinnakorn | 0001 | MTC-00003093
Kuncaitis, Michael Sr. | 0001 | MTC-00009718
Kundert, Bertram | 0001 | MTC-00008282
Kundert, Ken | 0001 | MTC-00033563
Kundert, Ken | 0001 | MTC-00027508
Kundert-Gibbs, John | 0002 | MTC-00004349
Kuntz, David J. | 0001 | MTC-00018648
Kuntz, Shane | 0002 | MTC-00020039
Kunyik, Sandor | 0001 | MTC-00019860
Kunz, Keary | 0001 | MTC-00007704
Kunza, Ray | 0001 | MTC-00012624
Kuo, Benjamin P. | 0001 | MTC-00028531
Kuo, Tim | 0001 | MTC-00021064
Kupec, Christopher | 0001 | MTC-00002377
Kupfer, Ellen | 0001 | MTC-00008308
Kupferer, Jean | 0001 | MTC-00013108
Kurecka, Christopher Joseph | 0002 | MTC-00010011
Kurek, Mary | 0001 | MTC-00031040
Kurisu, Sensei | 0001 | MTC-00023138
Kurlander, Elaine | 0001 | MTC-00026973
Kurtock, E | 0001 | MTC-00020756
Kurtuau, Jonathan | 0001 | MTC-00024578
Kurtz, Bailey | 0001 | MTC-00009513
Kuryk, Ben | 0001 | MTC-00024722
Kurzon, George | 0001 | MTC-00014369
Kush, Lou G | 0001 | MTC-00010632
Kush, Mary F. | 0001 | MTC-00009414
Kushner, Max | 0001 | MTC-00019082
Kushner, Robert | 0001 | MTC-00019896
Kuska, James J. | 0001 | MTC-00022184
Kuska, Jim | 0001 | MTC-00009103
Kuske, Charles | 0001 | MTC-00026023
Kuske, Michael | 0001 | MTC-00000288
Kussow, Matt | 0001 | MTC-00001108
Kuster, Andrew | 0001 | MTC-00016561
Kuster, Christian | 0001 | MTC-00002822
Kuster, John R. | 0001 | MTC-00022103
Kusterer, Todd | 0002 | MTC-00016614
Kuyper, Phil | 0001 | MTC-00006092
Kuypers, Jim A. | 0001 | MTC-00002624
Kuzdas, Tommy | 0003 | MTC-00027801
Kuzma, Kirk S. | 0002 | MTC-00003949
Kuzma, Marie | 0001 | MTC-00014240
Kuzma, Marie | 0001 | MTC-00024580
Kuzma, ML | 0001 | MTC-00011558
Kuzminski, John | 0001 | MTC-00007281
Kuzuaas, Tom | 0001 | MTC-00023582
Kvasnak, Alice | 0001 | MTC-00027494
Kvasnak, C. J. | 0001 | MTC-00029453
Kvechler, Kurt A. | 0001 | MTC-00007717
kwarrel@ orienthehunter.net | 0001 | MTC-00001629
Kwasniak, Joseph T. | 0001 | MTC-00013992
Kwiatkowski, Mike | 0001 | MTC-00001715
Kwong, Tony | 0002 | MTC-00000505
kwshaeffer@ att.net | 0001 | MTC-00028106
Ky7x | 0001 | MTC-00025172
Kydonieus, N. | 0001 | MTC-00008614
Kyes, Kerry G. | 0001 | MTC-00003250
Kyler, Ken | 0001 | MTC-00000952
Kyowva | 0001 | MTC-00025191
L'Esperanie, Francis A. Jr. | 0001 | MTC-00012123
L'unique Un | 0001 | MTC-00017970
La Bad, Ken | 0002 | MTC-00029781
La Bounty, Dave | 0002 | MTC-00029328
La Con, Michael | 0001 | MTC-00005819
La Mont, Stephen | 0001 | MTC-00031035
La Palme, Joe | 0001 | MTC-00001712
La Raus, Rob | 0001 | MTC-00017197
La Rue, Cameron | 0002 | MTC-00017753
La Vack, Dave | 0002 | MTC-00001713
Laakso, Ben | 0001 | MTC-00015635
Laakso, Mikael | 0001 | MTC-00016274
Labadie, Nathan | 0001 | MTC-00016003
Labalme, Fen | 0001 | MTC-00018146
Laban, Richard | 0001 | MTC-00005772
Labe, Eric | 0001 | MTC-00001050
LaBonne, Irene M. | 0001 | MTC-00008211
LaBranche, Andre | 0001 | MTC-00013109
Labrique, Jean | 0001 | MTC-00001984
Labrique, Jean | 0001 | MTC-00002031
Labut, Philip | 0001 | MTC-00017647
Labyak, R. James | 0001 | MTC-00005143
Lacbe, Arthur H. | 0001 | MTC-00026135
Lacey, Gerald G. | 0002 | MTC-00030623
Lacey, Suzanne | 0001 | MTC-00030993
LaChance, Leo | 0001 | MTC-00014690
LaChance, Leo and Joan | 0001 | MTC-00008877
Lachman, Ben | 0001 | MTC-00033364
Lachman, Ben | 0001 | MTC-00023848
Lackie, Richard | 0001 | MTC-00026758
Lackoff, Patricia | 0001 | MTC-00013533
Laconis, Vincent | 0001 | MTC-00024755
LaCount, Ronald | 0001 | MTC-00030927
LaCour, Marjorie | 0001 | MTC-00026448
Laczko, Robert | 0001 | MTC-00021124
Laczko, Robert | 0001 | MTC-00025965
Ladd, Anthony | 0002 | MTC-00027388
Ladd, Charlott | 0001 | MTC-00030931
Ladda, Virginia Napier | 0002 | MTC-00006220
Laderman, L. | 0001 | MTC-00000822
Ladjevardi, Ghassem | 0001 | MTC-00011770
Laesvuori, Juha-Pekka | 0001 | MTC-00017172
Lafferty, Doris J. | 0001 | MTC-00006933
Lafferty, Doris J. | 0001 | MTC-00011789
Laffey, Joe | 0001 | MTC-00016259
Laffingkate@ free-market.net | 0001 | MTC-00011112
LaForest, Mark | 0001 | MTC-00002997
LaFramboise, Richard | 0001 | MTC-00011665
LaFrance, John | 0001 | MTC-00001346
Lagaly, Scoot | 0001 | MTC-00023886
LaGarde, Bob | 0001 | MTC-00000112
Lageson, Tom | 0001 | MTC-00015379
Laggren, Rufus | 0002 | MTC-00026422
LaGraize, Larry | 0001 | MTC-00020517
LaGrange, Tyler | 0003 | MTC-00002384
Lagrange, Tyler | 0003 | MTC-00032123
LaGrave, Tracy W. | 0003 | MTC-00014779
LaGreca, Genevieve | 0001 | MTC-00009560
LaGreca, Genevieve | 0001 | MTC-00023354
LaGrua, Jeffrey | 0001 | MTC-00021601
Lahann, Doug | 0001 | MTC-00030707
Lahann, Doug | 0001 | MTC-00030723
Lahes, Victor | 0001 | MTC-00027660
Lahey, Thomas | 0001 | MTC-00000700
Lahr, Shawn | 0001 | MTC-00026641
Lahti, Christian | 0001 | MTC-00016933
LAhtinen, John | 0001 | MTC-00024150
Lai, Susan | 0001 | MTC-00014525
Laidig, Keith E. | 0001 | MTC-00003678
Laird, Gloria | 0001 | MTC-00022577
Laird, Ken | 0001 | MTC-00018320
Laird, R. Milton | 0001 | MTC-00030534
Lairson, Earl | 0001 | MTC-00029769
Laitila, Kathleen | 0001 | MTC-00007673
Lake, Christopher M. | 0002 | MTC-00014700
Lake, Daniel | 0001 | MTC-00015960
Lake, David | 0001 | MTC-00006277
Lake, James | 0001 | MTC-00023129
Lake, Peter | 0001 | MTC-00010397
Lake, Sean | 0001 | MTC-00000422
Lake, Sean | 0001 | MTC-00000434
Lake, Sharon | 0001 | MTC-00017235
Lakenan, Bill | 0001 | MTC-00006526
Lakey, Tim | 0001 | MTC-00000350
Lakhavani, Kuamr | 0001 | MTC-00029655
Lakin, Tom | 0001 | MTC-00006717
Lakshmanan, Valliappa | 0001 | MTC-00022325
Lalaadal@ aol.com | 0001 | MTC-00014236
Lalena, Constance | 0001 | MTC-00026350
Lalone, James | 0002 | MTC-00004584
LaLone, Jim | 0001 | MTC-00002752
Lama, Samir | 0002 | MTC-00028371
Lamacchia, Cosmo | 0001 | MTC-00030925
LaMachia, Thomas N. | 0002 | MTC-00014630
LaMange, Ron | 0001 | MTC-00024866
LaMange, Ron | 0001 | MTC-00030575
LaMaster, Lynne | 0001 | MTC-00002099
LaMaster, Lynne | 0001 | MTC-00013990
Lamb, Jason | 0001 | MTC-00025292
Lamb, Lee | 0001 | MTC-00026328
Lamb, Pierre | 0001 | MTC-00014932
Lamb, Richard | 0002 | MTC-00024652
Lamb, William | 0001 | MTC-00019859
Lambdin, Robert E. | 0001 | MTC-00025797
Lambermont, Hans | 0001 | MTC-00013382
Lambers, Aaron | 0001 | MTC-00017431
LAmbert, Caroline | 0001 | MTC-00024477
Lambert, David | 0002 | MTC-00003003
Lambert, Edgar | 0001 | MTC-00008068
Lambert, Gregory | 0001 | MTC-00029464
Lambert, Karel | 0001 | MTC-00030654
Lambert, Karel J. | 0004 | MTC-00032130
Lambert, Kim | 0002 | MTC-00030810
Lambert, Mark | 0002 | MTC-00000248
Lambert, Michael | 0002 | MTC-00032195
Lambert, Richard | 0001 | MTC-00026030
Lambert, Roland | 0001 | MTC-00021463
Lambert, Terry | 0001 | MTC-00020569
Lamberti, Jeff | 0003 | MTC-00031877
Lambird, Robert | 0002 | MTC-00005004
Lamble, Stuart | 0003 | MTC-00023280
Lambo, James | 0001 | MTC-00011983
Lambrecht, Janis | 0001 | MTC-00024021
Lambright, Ray | 0001 | MTC-00032876
Lambros, S. | 0001 | MTC-00009647
lamcy@ aol.com | 0001 | MTC-00017305
Lameka, Nolan | 0001 | MTC-00008324
Lameka, Nolan | 0001 | MTC-00027957
lamelling@ earthlink.net | 0001 | MTC-00014587
LaMere, Brian | 0001 | MTC-00016539
Laminack, Brent | 0001 | MTC-00015153
Laming, Tom | 0002 | MTC-00028030
Lamm, James | 0001 | MTC-00004126
Lamm, Jim | 0001 | MTC-00002502
Lamm, Randy | 0001 | MTC-00020935
Lammert, Pat | 0001 | MTC-00026421
Lamminm, Markus | 0001 | MTC-00017885
LamModlin@ netscape.net | 0001 | MTC-00014323
Lamone, Chris | 0001 | MTC-00016272
Lamonte, Joe | 0001 | MTC-00014047
Lamonthe, Maurice | 0001 | MTC-00021829
Lamonthe, Todd L. | 0001 | MTC-00021074
Lamoreaux, Patty | 0001 | MTC-00020383
LaMorgese, Robert S. | 0002 | MTC-00017652
Lamos, Bryan | 0001 | MTC-00026615
Lamparter, Craig | 0001 | MTC-00018331
Lampe, Scott | 0001 | MTC-00029668
Lamuno, Angel | 0001 | MTC-00001985
lancaffer@ msn.com | 0001 | MTC-00028243
Lancaster, James | 0001 | MTC-00004974
Lancaster, John | 0001 | MTC-00010512
Lancaster, Rex and Renee | 0001 | MTC-00020589
Lancaster, Rex and Renee | 0001 | MTC-00020591
Lancaster, Robert | 0001 | MTC-00028345
Lancaster, Spear | 0001 | MTC-00025028
Lance, Bill | 0001 | MTC-00015324
Lancki, Ed | 0001 | MTC-00023782
Lanclos, Andrew | 0003 | MTC-00000819
Land, Alan | 0001 | MTC-00024542
Land, Edward | 0001 | MTC-00030276
Land, John | 0002 | MTC-00031295
Land, Rosetta | 0001 | MTC-00021576
Land, Stephen | 0001 | MTC-00005418
Land, Stephen | 0001 | MTC-00006838
Landau, Charles | 0001 | MTC-00003070
Landau, Charles | 0001 | MTC-00002741
Landau, Charles | 0002 | MTC-00018158
Lander, Nigel | 0001 | MTC-00012194
Lander, Scott | 0002 | MTC-00000168
Landero, Aubrey | 0001 | MTC-00028393
Landero, Edith | 0001 | MTC-00028384
Landers, Cheri | 0001 | MTC-00008357
Landes, Rodger | 0002 | MTC-00033092
Landfield | 0001 | MTC-00025046
Landfield, Jim | 0001 | MTC-00006951
Landgrave, Kevin | 0001 | MTC-00031037
Landis, Clay C. | 0001 | MTC-00025722
Landis, David | 0001 | MTC-00020560
Landis, Phillip | 0001 | MTC-00032251
Landis, Phillip D. | 0001 | MTC-00000436
Landon, James | 0001 | MTC-00018014
Landon, Ken | 0001 | MTC-00008746
Landon, Ken | 0001 | MTC-00000677
Landress, Chuck | 0001 | MTC-00006287
Landress, Chuck | 0001 | MTC-00017409
Landreth, Jackie | 0002 | MTC-00014277
Landrum, Troy | 0001 | MTC-00032694
Landrus, Kurt | 0001 | MTC-00024699
Landrus, Mike | 0001 | MTC-00025919
Landry, Joel | 0001 | MTC-00004865
Landry, Robert | 0001 | MTC-00022246
Landry, Sallie | 0001 | MTC-00029164
Lands, Betty | 0001 | MTC-00025605
Landsiedel, Bryan | 0001 | MTC-00019665
Lane, Alan | 0002 | MTC-00033463
Lane, Annie | 0001 | MTC-00021019
Lane, Annie M. | 0001 | MTC-00009281
Lane, Dianne | 0001 | MTC-00026335
Lane, Gregory | 0001 | MTC-00013734
Lane, Gregory | 0001 | MTC-00023710
Lane, James | 0001 | MTC-00027815
Lane, Jhana | 0001 | MTC-00025535
Lane, Jon | 0001 | MTC-00006456
Lane, Louise | 0002 | MTC-00032198
Lane, Miles | 0001 | MTC-00000916
Lane, Tom | 0001 | MTC-00008228
Lane, Tom | 0001 | MTC-00012510
Lane, William | 0001 | MTC-00001437
Lanfry, Francois | 0002 | MTC-00018889
Lang, Harold J. | 0001 | MTC-00019441
Lang, Jeff | 0001 | MTC-00015585
Lang, Jim | 0001 | MTC-00012862
Lang, Juan | 0001 | MTC-00018104
Lang, William | 0001 | MTC-00029015
Langan, Leon (Lee) | 0001 | MTC-00018825
Langan, Oliver | 0001 | MTC-00018726
Langariello, Robert | 0001 | MTC-00006282
Langdon, Jason | 0001 | MTC-00010363
Lange, Dennis | 0001 | MTC-00029726
Lange, Donna | 0001 | MTC-00032940
Lange, Donovan | 0001 | MTC-00019263
Lange, Gary | 0001 | MTC-00007434
Lange, Gary C. | 0001 | MTC-00007452
Lange, Georg | 0001 | MTC-00018479
Lange, Harvey | 0002 | MTC-00025547
Lange, Jim | 0001 | MTC-00003785
Lange, Peter | 0001 | MTC-00020734
Lange, Walden A. | 0001 | MTC-00006444
Langedan, Kevin | 0001 | MTC-00032345
Langenberg, W. G. | 0001 | MTC-00006632
Langer, Jurian | 0001 | MTC-00013758
Langer, Robert | 0001 | MTC-00027114
Langford, Dale | 0001 | MTC-00010114
Langford, Everett | 0001 | MTC-00028724
Langford, John | 0001 | MTC-00016937
Langford, Michael James | 0002 | MTC-00033833
Langford, Michael James | 0002 | MTC-00033685
Langford, Stephen C. | 0001 | MTC-00010180
Langford, Willis | 0002 | MTC-00033581
Langfred, John | 0001 | MTC-00000782
Langharue, Rick | 0001 | MTC-00020954
Langhorne, Rick | 0001 | MTC-00024241
Langkov, Linda | 0001 | MTC-00013603
Langley, Jim | 0001 | MTC-00000825
Langley, Joe | 0001 | MTC-00020577
Langley, John | 0001 | MTC-00016152
Langley, Kristen | 0001 | MTC-00022531
Langlois, Richard | 0001 | MTC-00001063
Langlois, Richard | 0001 | MTC-00007497
Langon, Edward | 0001 | MTC-00005347
Langsford, Dana | 0002 | MTC-00032207
langtanjbl@ cs.com | 0001 | MTC-00014652
Langtry, Nathan Frederick | 0001 | MTC-00020069
Langtry, Nathan Fredrick | 0001 | MTC-00018500
Lanhe, Suzanne | 0001 | MTC-00028283
Lankford, Ella B | 0001 | MTC-00027422
Lankford, Ella B | 0001 | MTC-00033531
Lankford, Robert | 0001 | MTC-00026376
Lanm, Alex | 0001 | MTC-00003788
Lann, Sue | 0001 | MTC-00014470
Lannan, David | 0001 | MTC-00019068
Lano, Eva | 0001 | MTC-00020295
Lanser, Eric | 0002 | MTC-00008387
Lansing, Ron | 0001 | MTC-00029466
Lantock, Emily | 0001 | MTC-00031514
Lantsberger, Janet | 0001 | MTC-00022322
Lantsberger, Janet | 0001 | MTC-00007283
Lantz, David | 0001 | MTC-00009909
Lantz, Douglas W. | 0002 | MTC-00028383
Lantz, Robert | 0001 | MTC-00006905
Lantz, Robert | 0002 | MTC-00008318
Lantz, Robert | 0002 | MTC-00011469
Lanus, Juan | 0001 | MTC-00002753
Lanz, Mark | 0001 | MTC-00017642
Lanzner, Robert | 0002 | MTC-00033660
Lanzoni, Paolo | 0001 | MTC-00003140
LaPedis, Ron | 0002 | MTC-00004419
LaPedis, Ron | 0001 | MTC-00010813
lapeer.mindspring | 0001 | MTC-00000358
Lapeyre, Gavin | 0001 | MTC-00001789
Lapham, Jerry | 0001 | MTC-00019843
Lapham, Jon | 0001 | MTC-00014923
Lapointe, Thomas | 0001 | MTC-00002733
Lappin, Jennifer | 0001 | MTC-00033843
Lappoehn, Eric B. | 0001 | MTC-00025609
Laprade, Jay | 0001 | MTC-00016204
Lapsley, Marc | 0001 | MTC-00007393
LaRacque, Darryl | 0001 | MTC-00030507
Laracuente, Jose | 0001 | MTC-00031541
Laramee, Francois | 0001 | MTC-00002011
Largaespada, Ed | 0001 | MTC-00005776
Large, Ron | 0001 | MTC-00006794
Large, Ronald | 0001 | MTC-00004852
Largent, Brenda | 0001 | MTC-00012875
Larios, Alexis | 0001 | MTC-00020838
Laris, Jeanette R. | 0001 | MTC-00026576
Larisey, Paul | 0002 | MTC-00026743
LaRiviere, Rob | 0001 | MTC-00025063
Larka, Jan-Erik | 0001 | MTC-00026880
Larken, Dan | 0001 | MTC-00007030
Larkin, Michael | 0001 | MTC-00025717
Larman, David | 0001 | MTC-00009663
Larmon, Paul | 0001 | MTC-00011494
Larmon, Paul | 0001 | MTC-00005829
LaRocca, Mary | 0001 | MTC-00012975
Larochelle, David Irchard | 0001 | MTC-00028536
Larrabee, Jule | 0001 | MTC-00031274
Larrea, Jose F. | 0001 | MTC-00003119
Larrimore, James R. | 0001 | MTC-00003959
Larrimore, James R. | 0001 | MTC-00006057
Larrinva, Grace | 0001 | MTC-00011704
Larrison, Steve | 0001 | MTC-00001106
Larry | 0001 | MTC-00001285
Larry | 0001 | MTC-00004937
larry.james@ crbusa.com | 0001 | MTC-00017223
larry@ euglug,net | 0002 | MTC-00033219
Larry@ Smith- | 0001 | MTC-00017200
House.org@ inetgw
larryf@ manatts.com | 0001 | MTC-00014578
Larrys@ Macupgrades.com | 0001 | MTC-00001825
Larse, Gareth | 0001 | MTC-00005969
Larsen, Ben | 0001 | MTC-00025970
Larsen, C. Dean | 0001 | MTC-00028934
Larsen, Dan | 0001 | MTC-00015488
Larsen, Erin | 0002 | MTC-00033450
Larsen, Glen | 0001 | MTC-00021065
Larsen, Ken | 0001 | MTC-00006673
Larsen, Larry | 0001 | MTC-00000926
Larsen, Larry | 0001 | MTC-00022426
Larsen, Marjorie | 0001 | MTC-00011117
Larsen, Nathan | 0001 | MTC-00030407
Larsen, Ron | 0004 | MTC-00032119
Larson, Alan W. | 0001 | MTC-00002144
Larson, Cecilia E. | 0001 | MTC-00020264
Larson, Charles R. | 0001 | MTC-00024706
Larson, Cheryl | 0001 | MTC-00032937
Larson, Chris | 0001 | MTC-00013751
Larson, Chris | 0001 | MTC-00015927
Larson, Chuck | 0001 | MTC-00025069
Larson, Connie and Roger | 0001 | MTC-00007963
Larson, Dan | 0001 | MTC-00004148
Larson, Eric | 0001 | MTC-00018358
Larson, Ethan | 0001 | MTC-00023943
Larson, Ethan | 0001 | MTC-00033410
Larson, Glenn | 0001 | MTC-00027355
Larson, Gregory | 0002 | MTC-00032217
Larson, Jacob | 0002 | MTC-00013444
Larson, John | 0001 | MTC-00003287
Larson, Lee | 0001 | MTC-00003056
Larson, Lee | 0001 | MTC-00008348
Larson, Lee | 0001 | MTC-00031188
Larson, Lewis G. | 0001 | MTC-00030899
Larson, Mike | 0002 | MTC-00011056
Larson, Miriam | 0001 | MTC-00010611
Larson, Paul | 0001 | MTC-00015611
Larson, Thomas | 0001 | MTC-00027058
Larsson, Martin | 0001 | MTC-00014477
LaRue, Dong | 0002 | MTC-00017103
LaRusso, Tom | 0001 | MTC-00009669
Larusson, Tryggri | 0002 | MTC-00021653
Larzgold | 0001 | MTC-00000773
Lasch, Jim | 0001 | MTC-00009317
Lashley, John | 0001 | MTC-00031584
Lasiter, Andrew | 0001 | MTC-00017456
Laskaris, Zanetta | 0001 | MTC-00012104
Laskey, Bob | 0001 | MTC-00015747
Lasko, Norman | 0001 | MTC-00029362
Lasnover, Alan | 0002 | MTC-00032614
Lassen, Jeremy | 0001 | MTC-00012766
Laster, Jack | 0001 | MTC-00003019
lASTNER, fRANK | 0001 | MTC-00029835
Latham, Chris | 0001 | MTC-00022233
Latham, David D. | 0001 | MTC-00016324
Lathrop, Roger | 0001 | MTC-00010306
Latif, Shabbir M. | 0001 | MTC-00003210
Latimer, Dollie | 0001 | MTC-00000887
Latimer, Richard | 0001 | MTC-00006750
Latinak, Adrian | 0001 | MTC-00010751
Latounette, Carol and George | 0002 | MTC-00032147
Latour, Rich | 0001 | MTC-00019028
Latour, Rich | 0001 | MTC-00027036
Lattey, Gordon | 0001 | MTC-00006147
Lattin, Brent | 0001 | MTC-00010122
Latus, Vincent | 0001 | MTC-00006053
Lau, Dorothy | 0001 | MTC-00006485
Lau, Sirena | 0002 | MTC-00029270
Laube, Arthur | 0001 | MTC-00006376
Laucius, J. Frederick | 0001 | MTC-00030781
Lauck, Kane | 0001 | MTC-00013928
Laud, Matthew | 0001 | MTC-00022870
Laudel, Lois | 0001 | MTC-00022923
Laudel, William | 0002 | MTC-00033056
Lauder, Rick | 0001 | MTC-00007082
Lauder, Rick | 0001 | MTC-00011916
Lauderman, Joy | 0002 | MTC-00030310
Laudinski, Elmer | 0001 | MTC-00009836
Lauer, Marcus | 0001 | MTC-00019622
Lauer, Michael | 0002 | MTC-00024387
Lauer, Norris | 0001 | MTC-00017466
Laufersweiler, Jon | 0001 | MTC-00024529
Laufman, Harrington B. | 0002 | MTC-00024090
Laugee, Monica | 0001 | MTC-00006873
Laughlin, Page | 0002 | MTC-00024409
Laughlin, Reed | 0001 | MTC-00027587
Laughton, Andrew | 0001 | MTC-00014968
Laughton, Asa Joy | 0005 | MTC-00002955
Laundra, David | 0001 | MTC-00014871
Launius, Betty | 0001 | MTC-00024641
Laur, John | 0001 | MTC-00022250
Laur, Neal | 0001 | MTC-00020846
Laureano, Michel | 0001 | MTC-00006584
Laurel, Jim | 0001 | MTC-00007215
Laurence Jr., Maurice | 0001 | MTC-00017288
Laurence, John | 0001 | MTC-00020313
Laurens, Peter Allen | 0001 | MTC-00022399
Laurenson, John G. | 0001 | MTC-00002409
Laurent-Muehleisen, Sally | 0001 | MTC-00002868
Laurie, Marilyn | 0001 | MTC-00029273
LaurieIW@ aol.com | 0001 | MTC-00022580
Laurin, Jim | 0001 | MTC-00017410
Lauritzen, Jake | 0001 | MTC-00017697
Laursen, Mark | 0001 | MTC-00004970
Lauseng, Cameron | 0001 | MTC-00014402
Lauseng, Cameron | 0001 | MTC-00032955
Lausman, Gary | 0001 | MTC-00026231
Lauterbach, Stephen | 0001 | MTC-00001765
Lauver, Jean | 0001 | MTC-00028958
Lauzon, Patricia | 0001 | MTC-00032749
Lavandowska, Lance | 0001 | MTC-00022778
Lavbenheimer, Linda | 0002 | MTC-00019803
LaVeglia, Christopher | 0001 | MTC-00017527
Lavelle, robert M | 0001 | MTC-00009554
Lavelle, Rose Marie | 0001 | MTC-00032422
Laventure, George | 0002 | MTC-00031812
LaVercombe, Jesse | 0001 | MTC-00014418
Lavergne, Scott | 0001 | MTC-00019389
Laverne, Jim | 0001 | MTC-00008304
Lavi, Mark | 0003 | MTC-00025837
LaVoie, Jason | 0001 | MTC-00004704
Law, Albert | 0002 | MTC-00016168
Law, Flora and Duncan | 0001 | MTC-00014794
Law, Marilyn | 0001 | MTC-00031776
Law, Queenie | 0001 | MTC-00027267
Law, William | 0001 | MTC-00027347
Lawerence, Mark | 0001 | MTC-00027777
Lawler, David | 0001 | MTC-00023861
Lawler, David | 0001 | MTC-00033365
Lawler, Marie | 0002 | MTC-00026374
Lawler, Mark | 0001 | MTC-00013926
Lawler, Pamela | 0001 | MTC-00020576
Lawless, Timothy | 0002 | MTC-00015172
Lawlor, Jake | 0001 | MTC-00032026
Lawlor, Margaret | 0001 | MTC-00007237
Lawn, Donald | 0001 | MTC-00002793
Lawrance, Preston | 0001 | MTC-00032615
Lawrence | 0001 | MTC-00015989
Lawrence Howards | 0001 | MTC-00019733
Lawrence, Andy | 0001 | MTC-00017812
Lawrence, Arline | 0001 | MTC-00026015
Lawrence, Barbara | 0001 | MTC-00013958
Lawrence, Brett | 0001 | MTC-00013198
Lawrence, Carol R. | 0001 | MTC-00008298
Lawrence, Chris | 0001 | MTC-00019141
Lawrence, Chris | 0002 | MTC-00019391
Lawrence, Dallas | 0002 | MTC-00009159
Lawrence, Daniel | 0001 | MTC-00015126
Lawrence, Frank | 0001 | MTC-00009526
Lawrence, Frank W. | 0001 | MTC-00020932
Lawrence, J.C. | 0001 | MTC-00026343
Lawrence, Jennifer E> | 0002 | MTC-00029923
Lawrence, John | 0001 | MTC-00026006
Lawrence, Josh | 0001 | MTC-00017470
Lawrence, Lenora | 0001 | MTC-00005972
Lawrence, Patrick | 0001 | MTC-00009413
Lawrence, Peter | 0001 | MTC-00003861
Lawrence, Randy | 0001 | MTC-00018086
Lawry, Ted | 0001 | MTC-00001151
Lawson, Aaron | 0002 | MTC-00013753
Lawson, Adam | 0001 | MTC-00018603
Lawson, Floyd | 0002 | MTC-00032680
Lawson, Jim | 0001 | MTC-00003105
Lawson, Linda | 0001 | MTC-00026807
Lawson, Maurice | 0001 | MTC-00031179
Lawson, Peter | 0001 | MTC-00017437
Lawson, Richard | 0001 | MTC-00014979
Lawson, Todd C. | 0001 | MTC-00023924
Lawton, David M. | 0002 | MTC-00031643
Lawyer, Jack | 0001 | MTC-00011570
Lawyer, Virginia | 0001 | MTC-00020761
Lay, James | 0001 | MTC-00029645
Lay, James and Harriet Lay | 0001 | MTC-00025879
Lay, Jeffry | 0001 | MTC-00020351
Laydon, Jim | 0002 | MTC-00031268
Layman, Scott | 0001 | MTC-00024651
Layne, Charles E. | 0001 | MTC-00012359
Layson, Tom | 0001 | MTC-00010975
Layton, Ryan | 0001 | MTC-00020701
Lazansky, Rick | 0001 | MTC-00025111
Lazarich, C. | 0001 | MTC-00002699
Lazor Sr., David M. | 0003 | MTC-00013998
Lazor, David | 0001 | MTC-00015946
Lazutin, Alex | 0001 | MTC-00028769
Lazutin, Paula | 0001 | MTC-00028703
Lazzara, Jason | 0001 | MTC-00020453
Lazzaro, John | 0001 | MTC-00013099
Lazzaro, Joseph | 0001 | MTC-00018907
LBastasuki@ aol.com | 0001 | MTC-00007272
lbbaker@ bellsouth.net | 0001 | MTC-00021418
LBGARRISON@ aol.com | 0001 | MTC-00007718
LBIFAN@ aol.com | 0001 | MTC-00009012
Lblaze4610@ aol.com | 0001 | MTC-00012800
lclevel707@ msn.com | 0001 | MTC-00014674
LDavis3770@ aol.com | 0001 | MTC-00006816
LDLackey@ aol.com | 0001 | MTC-00013827
ldwplw@ hotmail.com | 0001 | MTC-00010456
Le Vitus, Bob | 0002 | MTC-00002253
Le, Hai-Duc | 0001 | MTC-00007245
Lea | 0001 | MTC-00027093
Lea, Patty | 0001 | MTC-00007675
Leach, Jalon R. | 0001 | MTC-00021517
Leach, Ray | 0001 | MTC-00028963
Leachman, Rob | 0002 | MTC-00004225
Leader, Jeremy | 0001 | MTC-00020216
Leader, Scott | 0002 | MTC-00014753
Leads, Linda and Jerry | 0002 | MTC-00031004
League, Paul M. | 0001 | MTC-00010100
Leahy, Dan | 0001 | MTC-00031109
Leahy, James | 0002 | MTC-00031407
Leair, Brian | 0002 | MTC-00027493
Leake, Bruce | 0001 | MTC-00030901
Leal, Carlos | 0001 | MTC-00019975
Leamaster, Kristi | 0001 | MTC-00014332
LeaMaster, Kristi | 0002 | MTC-00031696
Leamer, Michael | 0001 | MTC-00013698
Leaney, Martin | 0001 | MTC-00001587
Learell, Kevin | 0001 | MTC-00016638
Leary, Jack | 0001 | MTC-00007105
Leary, Mark | 0001 | MTC-00031602
Leary, Mark | 0001 | MTC-00009537
Leary, Rob | 0001 | MTC-00016288
Lease, Christopher | 0001 | MTC-00020431
leatherneckdi@ hotmail.com | 0001 | MTC-00010400
Leathers, Norman | 0001 | MTC-00012523
Leathers, Norman | 0001 | MTC-00007198
leathers@ nwlink.com | 0001 | MTC-00007984
Leave, Albert | 0001 | MTC-00009019
Leazenby, David | 0001 | MTC-00002339
Leazenby, David | 0001 | MTC-00002341
Leazure, Chris | 0001 | MTC-00021741
Leban, Roy | 0002 | MTC-00005931
LeBeau, Patty J. | 0001 | MTC-00012013
Leber, Margaret | 0001 | MTC-00003675
Leber, Tom | 0001 | MTC-00015141
LeBlanc, Don | 0001 | MTC-00033621
LeBlanc, Harry | 0001 | MTC-00008025
LeBlanc, James | 0001 | MTC-00021646
LeBlanc, Jon | 0001 | MTC-00016379
LeBlanc, Raymond | 0001 | MTC-00007917
Leblanc, Sylvester | 0001 | MTC-00001296
LeCam, Ed | 0001 | MTC-00002470
Lechasseur, Charles | 0001 | MTC-00015224
Leckie, Peter | 0001 | MTC-00004858
LeComte, Jean | 0001 | MTC-00001561
Ledbetter, Tiffany | 0001 | MTC-00031942
Leddy, Bill | 0003 | MTC-00017361
Lederle, Tim | 0001 | MTC-00012791
Lederman, Jeremie | 0001 | MTC-00001746
Ledford, Don | 0001 | MTC-00002935
Ledgister, Kevin | 0002 | MTC-00002203
LeDoux, Davi | 0002 | MTC-00027664
LeDuc, Charles | 0002 | MTC-00012778
LeDuc, Gregory | 0002 | MTC-00033467
Leduc, J.F. | 0001 | MTC-00027419
Lee, Andrew | 0001 | MTC-00022094
Lee, Andrew | 0001 | MTC-00000963
Lee, Andrew G. | 0001 | MTC-00001835
Lee, Ann | 0002 | MTC-00024628
Lee, C. Chuck | 0001 | MTC-00002358
Lee, Chalres | 0001 | MTC-00007494
Lee, Charles | 0002 | MTC-00033253
Lee, Cheryl | 0001 | MTC-00030935
Lee, Chris | 0002 | MTC-00004653
Lee, Chris | 0003 | MTC-00000220
Lee, Chris | 0005 | MTC-00000266
Lee, Chris | 0002 | MTC-00000239
Lee, Chris | 0003 | MTC-00000293
Lee, Chung | 0001 | MTC-00030934
Lee, Daniel | 0002 | MTC-00026233
Lee, Daniel | 0001 | MTC-00029678
Lee, David | 0001 | MTC-00025782
Lee, Donald | 0001 | MTC-00026911
Lee, Elaine | 0001 | MTC-00022982
Lee, Evan | 0001 | MTC-00009982
Lee, Evan | 0001 | MTC-00032534
Lee, Fred | 0001 | MTC-00031610
Lee, G. | 0001 | MTC-00005619
Lee, Harry | 0001 | MTC-00025690
Lee, Harry P. | 0001 | MTC-00029566
Lee, HG | 0001 | MTC-00008603
Lee, Jason | 0001 | MTC-00017811
Lee, Jason, R. | 0002 | MTC-00009855
Lee, Jerry | 0002 | MTC-00032166
Lee, Joleen | 0001 | MTC-00022946
Lee, Kim | 0001 | MTC-00016945
Lee, Leonard | 0001 | MTC-00004105
Lee, Linda | 0002 | MTC-00002226
Lee, Manh | 0001 | MTC-00003426
Lee, Mitch | 0001 | MTC-00018525
Lee, Norm | 0002 | MTC-00032440
Lee, R. E. | 0001 | MTC-00005780
Lee, R. E. | 0001 | MTC-00028727
Lee, R.E. | 0001 | MTC-00028737
Lee, Richard | 0001 | MTC-00001155
Lee, Robert | 0001 | MTC-00001075
Lee, Robert | 0001 | MTC-00006645
Lee, Robin Elaine | 0001 | MTC-00018613
Lee, Robin L. | 0001 | MTC-00007804
Lee, Russell | 0002 | MTC-00032203
Lee, Sean | 0003 | MTC-00025787
Lee, Sean | 0003 | MTC-00030706
Lee, Seon | 0001 | MTC-00016893
Lee, Stephen | 0001 | MTC-00025615
Lee, Steve | 0001 | MTC-00014144
Lee, Tearle | 0001 | MTC-00032580
Lee, Tony | 0001 | MTC-00031747
Lee, Ven | 0001 | MTC-00010506
Lee, Walter | 0001 | MTC-00020330
Lee, William | 0002 | MTC-00033100
Leeder, W. J. | 0001 | MTC-00006669
leederone@ yahoo.com | 0003 | MTC-00025070
Leeds, Charles | 0002 | MTC-00001280
Leeds, Clay | 0001 | MTC-00002406
Leeds, Clay | 0001 | MTC-00013047
Leedy, Glenn | 0001 | MTC-00006104
leegj@ home.com | 0001 | MTC-00028198
Leeser, Audrey K. | 0001 | MTC-00009420
Leeuwesteijn, Ted | 0002 | MTC-00009028
Lefeburc, Richard | 0001 | MTC-00028921
LeFebvre, Chris | 0001 | MTC-00012792
Leffland, K. William | 0002 | MTC-00029748
LeForge, Elizabeth | 0001 | MTC-00032808
LeFort, Lee | 0001 | MTC-00023245
Legare, Virginia | 0002 | MTC-00033293
Legatzke, Allen | 0001 | MTC-00000355
Legene, Maarten | 0001 | MTC-00000082
Leger, Don | 0002 | MTC-00024932
Legg, Kenneth | 0001 | MTC-00019587
Legge, Rick | 0002 | MTC-00027089
Leggett, Graham | 0001 | MTC-00022085
Leggett, Lou | 0001 | MTC-00012759
Legrand, Pierre | 0001 | MTC-00008003
Legrand, Pierre | 0001 | MTC-00008007
Legue, Michael | 0001 | MTC-00022948
Lehan, Ed | 0001 | MTC-00006611
Lehane, C. J. | 0001 | MTC-00005544
Lehenbauer, Bear | 0001 | MTC-00017840
Lehman, Alfred | 0002 | MTC-00033129
Lehnart, Charles | 0001 | MTC-00007982
Lehnfeld, Betsy | 0002 | MTC-00026899
Lehnhard, Geogre | 0001 | MTC-00006612
Lehnhard, George | 0001 | MTC-00021869
Lehnherr, Robert E | 0001 | MTC-00029506
Lehnherr, Robert E | 0001 | MTC-00033611
Lehon, Lester | 0001 | MTC-00006770
Lehrer, Nancy | 0001 | MTC-00022156
Leib, Elaine | 0001 | MTC-00007467
Leiblier, Denis | 0001 | MTC-00001484
Leibowitz, Michael | 0001 | MTC-00028566
Leiby, Carol | 0001 | MTC-00026007
Leiby, Carol | 0001 | MTC-00007517
Leichner, Richard K. | 0001 | MTC-00009134
Leidig, David | 0001 | MTC-00026375
Leifeste, Douglas | 0001 | MTC-00011971
Leifeste, Douglas | 0001 | MTC-00009049
Leigh, Ara | 0001 | MTC-00032947
Leighty, Mark D. | 0001 | MTC-00019957
leigh—jr2@ hotmail.com | 0001 | MTC-00028078
Leigland, Ryan | 0001 | MTC-00017348
Leih, Janet | 0002 | MTC-00009219
Leiman, Alan | 0001 | MTC-00003806
Leinwand, Jeff | 0001 | MTC-00021443
Leinwand, Jonathan | 0001 | MTC-00024612
Leinwander, Mark | 0001 | MTC-00003266
Leinwebster, James E. | 0004 | MTC-00027665
Leipold, Cosimo | 0001 | MTC-00015459
Leipprandt, John | 0001 | MTC-00007533
Leiser, Robert | 0001 | MTC-00006042
Leisner, Greg | 0002 | MTC-00002595
Leisner, Mary | 0002 | MTC-00027982
Leisz, Dorine | 0001 | MTC-00016924
Leite, Jeff | 0001 | MTC-00005886
Leitner, Sarah | 0001 | MTC-00024130
Lejeune, Brian | 0001 | MTC-00023194
lekasper@ att.net | 0001 | MTC-00006633
Leland, Ben | 0001 | MTC-00032797
Leland, Joel | 0002 | MTC-00018759
LeLeux, Elmer | 0001 | MTC-00023747
lem9690@ earthlink.net | 0001 | MTC-00012745
Lembo, Dominick | 0001 | MTC-00007016
Lembree, Rob | 0002 | MTC-00015452
Lemer, Beryl | 0001 | MTC-00031094
Lemert, Robert | 0001 | MTC-00026136
Lemieux, Rene E. | 0002 | MTC-00001379
Lemke, John | 0002 | MTC-00000639
Lemke, Tyler | 0001 | MTC-00018748
Lemmand, E.B. | 0001 | MTC-00008001
Lemmon, willis S. | 0001 | MTC-00008979
Lemmons, Stephen J. | 0002 | MTC-00013419
Lemon, Bill | 0002 | MTC-00005177
Lemon, Buford | 0001 | MTC-00016635
Lemon, Jonathan | 0001 | MTC-00026772
Lemon, Michael | 0001 | MTC-00026124
Lemons, Jason T. | 0001 | MTC-00031616
Lemos, Manuel | 0001 | MTC-00022568
Lempert, Frank | 0001 | MTC-00030499
Lenfestey, Edwin | 0001 | MTC-00012378
Leng, David | 0001 | MTC-00023973
Lengquist | 0001 | MTC-00009143
Lenhart, Clay | 0001 | MTC-00023553
Lenharth | 0001 | MTC-00025254
Lenheim, William | 0001 | MTC-00006824
Lenick, Darren | 0001 | MTC-00002781
Lenihan, Shawn | 0001 | MTC-00021013
Lenihan, Sonya | 0001 | MTC-00021018
Lennard, David | 0001 | MTC-00013463
Lennerth, Ralph | 0002 | MTC-00033479
Lennick, Wilbert E. | 0001 | MTC-00025949
Lennox, James | 0002 | MTC-00028582
Lenoce, Richard | 0001 | MTC-00014873
Lenox, Ryan | 0001 | MTC-00021482
Lenseigne, Tim | 0001 | MTC-00022365
Lento, Mark | 0001 | MTC-00013214
Lento, Mark | 0001 | MTC-00026481
Lentz, David | 0001 | MTC-00000701
Lentz, David | 0002 | MTC-00013073
Lentz, Jane | 0001 | MTC-00030872
Lentz, Robert A. | 0002 | MTC-00027445
Lenz, Nathan | 0001 | MTC-00015337
Lenzer, George H. | 0001 | MTC-00003911
Leo, Mike | 0001 | MTC-00018681
leo244@ hotmail.com | 0001 | MTC-00016019
leo@ ltu.edu | 0001 | MTC-00010863
Leon, George | 0002 | MTC-00018299
Leon, Nathan | 0001 | MTC-00011838
Leonard, Bradley G. | 0001 | MTC-00027872
Leonard, Clifton | 0001 | MTC-00021502
Leonard, David | 0001 | MTC-00014093
Leonard, F. | 0001 | MTC-00009452
Leonard, F. John | 0001 | MTC-00029396
Leonard, Jim | 0001 | MTC-00016225
Leonard, Joanne | 0001 | MTC-00011583
Leonard, Jud | 0001 | MTC-00020774
Leonard, Matt | 0001 | MTC-00016159
Leonard, Scott | 0001 | MTC-00015841
leonard@ raintreenursery.com | 0001 | MTC-00017304
Leonardini, Frances | 0001 | MTC-00007772
Leonczyk, Andrew | 0001 | MTC-00024716
Leone, Jeanine | 0001 | MTC-00011438
Leone, Jeanine | 0001 | MTC-00032622
Leone, Judith | 0001 | MTC-00024153
Leontovich, Andy | 0001 | MTC-00012904
leoslocks | 0001 | MTC-00021555
Leotakoms@ frontier.net | 0001 | MTC-00010658
Lepianka, Tamara | 0001 | MTC-00005696
Leputre, Georges | 0001 | MTC-00015007
Lerch, Walter | 0001 | MTC-00030569
Lerman, Jason | 0001 | MTC-00013651
Lerner, Daniel | 0002 | MTC-00002873
Lerner, Lynn | 0001 | MTC-00029556
Leroyjetson7 | 0001 | MTC-00019295
Lesan, Charlotte | 0001 | MTC-00011468
Lesh, Joey | 0001 | MTC-00011427
Lesh, Rich | 0001 | MTC-00017391
Leslie, Don | 0001 | MTC-00011493
Leslie, Jack and DIxie | 0001 | MTC-00025923
Leslie, Jon | 0001 | MTC-00005568
Leslie, Shelton | 0001 | MTC-00020036
Leslie, Whitman | 0002 | MTC-00033471
Lesnjak, Bill | 0001 | MTC-00008569
Lesot, Damien-Pierre | 0001 | MTC-00026696
Lesperance, Edwin | 0001 | MTC-00023640
Lesseg, Daniel | 0001 | MTC-00006920
Lester, dan | 0001 | MTC-00030187
Lester, Elizabeth | 0001 | MTC-00005277
Lester, Elizabeth | 0001 | MTC-00022811
Lester, Frank | 0001 | MTC-00031732
Lester, Rodney | 0001 | MTC-00018673
Lesyha, Larry | 0001 | MTC-00017998
Leszczynski, Thomas | 0001 | MTC-00029314
Letcher, Michael | 0001 | MTC-00027226
Letelier, Denis | 0001 | MTC-00002621
Leth, William and Janet | 0001 | MTC-00021598
Letson, Leigh | 0001 | MTC-00024320
Letson, Leigh | 0001 | MTC-00024321
Letterman, Susan | 0001 | MTC-00031901
Lettie, Daryl D. | 0001 | MTC-00009422
Leu, Tony | 0001 | MTC-00029849
Leuckel, David C. | 0001 | MTC-00002422
Leui, Donald | 0002 | MTC-00032490
Leung, Stanley T. | 0001 | MTC-00006466
Leung, Thomas | 0001 | MTC-00029221
Leung, Yat-Sun | 0001 | MTC-00006183
Lev, James R. | 0001 | MTC-00017733
Lev-Ari, Edan | 0002 | MTC-00023743
Levanto, Heikki | 0001 | MTC-00014906
LeVasseur, Rachel | 0002 | MTC-00008797
Levbert, Susan | 0001 | MTC-00013098
Levenberg, Josh | 0001 | MTC-00017686
Levene, Douglas B. | 0001 | MTC-00012855
Levensalor, Anthony | 0001 | MTC-00013895
Leverault, Maurice | 0001 | MTC-00002694
Leverenz, Tim | 0001 | MTC-00001650
Leverett, F. Lynn | 0001 | MTC-00008055
Levett, David | 0002 | MTC-00022422
Levi, Ben | 0002 | MTC-00027389
Levi, Jasha | 0001 | MTC-00007711
Levi, Meir | 0002 | MTC-00000078
Levi, Meir | 0001 | MTC-00021873
Levin, Arlen | 0001 | MTC-00002401
Levin, Shanan | 0001 | MTC-00017427
Levin, William | 0001 | MTC-00031311
Levine, Barry | 0001 | MTC-00001303
Levine, Charles | 0001 | MTC-00019409
Levine, Joann | 0001 | MTC-00008057
Levine, Joseph and Doris | 0001 | MTC-00008813
Levine, Marc | 0001 | MTC-00016730
Levine, Richard | 0001 | MTC-00001759
Levinger, Bud | 0001 | MTC-00010260
Levinger, Deborah | 0002 | MTC-00009841
Levings, Donald J. Jr. | 0001 | MTC-00031495
Levinson, Marcia | 0001 | MTC-00030595
Levitsky, Susan | 0003 | MTC-00033473
Levitt, David | 0002 | MTC-00027925
LEvitt, Paul | 0003 | MTC-00021945
Levitt, Richard | 0001 | MTC-00003259
Levittan, Bob | 0001 | MTC-00005202
Levittan, Bob | 0001 | MTC-00032359
LeVitus, Bob | 0001 | MTC-00008233
Leviz, Mark | 0001 | MTC-00015629
Levy, Alex | 0001 | MTC-00018665
Levy, Arlene Marie | 0001 | MTC-00008970
Levy, Cliff | 0002 | MTC-00005340
Levy, Donald | 0001 | MTC-00032910
Levy, Ernie | 0001 | MTC-00031090
Levy, Ernie | 0001 | MTC-00006452
Levy, Jack | 0002 | MTC-00009890
Levy, Lissa | 0001 | MTC-00028575
Levy, Michael | 0002 | MTC-00030926
Levy, Robert | 0003 | MTC-00004804
Levy, Susan | 0001 | MTC-00007502
Lewan, Douglas | 0002 | MTC-00028001
Lewandowski, Peter | 0001 | MTC-00010294
Lewandowski, Scott | 0001 | MTC-00015570
Lewelling, Kenneth | 0001 | MTC-00015582
Lewerenz, Eric | 0001 | MTC-00021674
Lewin, Alex | 0001 | MTC-00020309
Lewin, Howard | 0001 | MTC-00021561
Lewin, John Warner | 0001 | MTC-00028335
Lewine, Howard | 0001 | MTC-00033491
Lewis, Ann | 0001 | MTC-00013087
Lewis, Barbara | 0001 | MTC-00002756
Lewis, Bill | 0001 | MTC-00030948
Lewis, Bob | 0003 | MTC-00024224
Lewis, Bruce | 0002 | MTC-00033088
Lewis, Bruce | 0001 | MTC-00001065
Lewis, Charles | 0001 | MTC-00017295
Lewis, Charles | 0001 | MTC-00016639
Lewis, Constance Reynolds | 0007 | MTC-00030508
Lewis, Constance Reynolds | 0001 | MTC-00030509
Lewis, Corola | 0002 | MTC-00028776
Lewis, Craig | 0001 | MTC-00003145
Lewis, D. | 0001 | MTC-00027732
Lewis, Dave | 0001 | MTC-00022025
Lewis, David R. | 0001 | MTC-00030728
Lewis, Dick | 0001 | MTC-00018890
Lewis, Don | 0001 | MTC-00022543
Lewis, Doug | 0001 | MTC-00000048
Lewis, Doug | 0001 | MTC-00021331
Lewis, Gary | 0001 | MTC-00032692
Lewis, J em | 0002 | MTC-00025855
Lewis, Jackie | 0001 | MTC-00031837
Lewis, James | 0001 | MTC-00014054
Lewis, James J. | 0001 | MTC-00000212
Lewis, Jason Matthew | 0001 | MTC-00027378
Lewis, Jerry | 0001 | MTC-00003245
Lewis, Joel | 0001 | MTC-00009486
Lewis, John | 0001 | MTC-00000450
Lewis, john | 0001 | MTC-00015261
Lewis, Keith J. | 0001 | MTC-00012563
Lewis, Margaret M. | 0001 | MTC-00009778
Lewis, Mark | 0001 | MTC-00017051
Lewis, Marshall | 0001 | MTC-00016283
Lewis, Marshall | 0001 | MTC-00016609
Lewis, Michael | 0001 | MTC-00032843
Lewis, Mike | 0001 | MTC-00021133
Lewis, Paton J. | 0001 | MTC-00024907
Lewis, Paul | 0001 | MTC-00027662
Lewis, Perry | 0002 | MTC-00033086
Lewis, Richard | 0002 | MTC-00007679
Lewis, Robert | 0001 | MTC-00024710
Lewis, Robert | 0001 | MTC-00000945
Lewis, Ron | 0001 | MTC-00031097
Lewis, Samuel | 0001 | MTC-00022783
Lewis, Samuel | 0001 | MTC-00007052
Lewis, Scott | 0002 | MTC-00026511
Lewis, Shannon | 0001 | MTC-00005090
Lewis, Simon | 0001 | MTC-00027912
Lewis, Simon | 0001 | MTC-00003360
Lewis, Steven | 0001 | MTC-00004751
Lewis, Sue F. | 0001 | MTC-00031388
Lewis, Tami | 0001 | MTC-00020684
Lewis, Tanner | 0002 | MTC-00010613
Lewis, Timothy W. | 0001 | MTC-00025723
Lewis, William | 0001 | MTC-00032845
Lewis, William | 0001 | MTC-00003262
Lewis, Wilson | 0001 | MTC-00027591
Lewis.jones@ | 0001 | MTC-00003819
malvern.co.ok@ inetgw
Lewitt, Laurence | 0002 | MTC-00010253
Lewitt, Lawrence | 0001 | MTC-00005651
Lewkowicz, Ania | 0001 | MTC-00010296
Lex, Don | 0002 | MTC-00000120
Lex, Don | 0002 | MTC-00032245
Lexx | 0001 | MTC-00010974
Leydon, James | 0001 | MTC-00032925
Lezza, Ed | 0001 | MTC-00029725
LFiala@ aol.com | 0001 | MTC-00022299
lgervits@ nye.doe.gov | 0001 | MTC-00021415
Lglesias, Gonzalo H. | 0002 | MTC-00014802
lgreen@ busynet.net | 0001 | MTC-00024258
lhack@ ubtanet.com | 0001 | MTC-00028191
LHEINSCH@ aol.com | 0001 | MTC-00022977
lho@ ffi.no | 0001 | MTC-00020381
lhuff@ prodigy.net | 0001 | MTC-00014595
Liam | 0001 | MTC-00023612
Liang, Jeffrey | 0001 | MTC-00010257
Liang, Weigen | 0001 | MTC-00001006
Liang, Yuen | 0001 | MTC-00022592
Liang, Z. G. | 0001 | MTC-00007182
Liang, Z. G. | 0001 | MTC-00007189
Lias, John | 0002 | MTC-00009256
Lias, Walter | 0001 | MTC-00029605
Liaw, Lee | 0002 | MTC-00028145
Liban, Gregory | 0002 | MTC-00033495
Liban, Gregory A. | 0002 | MTC-00026452
Liberman, Benjamin | 0001 | MTC-00023260
Libo, Grigory | 0002 | MTC-00031151
Liborski, Valeri | 0002 | MTC-00024911
Librandi, Dennis | 0001 | MTC-00007443
Licht, John III | 0001 | MTC-00025209
Lichten, Jack | 0001 | MTC-00027080
Lichtenberg | 0001 | MTC-00031835
Lichti, Marcia | 0001 | MTC-00007945
Licon, Greg | 0001 | MTC-00017384
Lidington, Kay | 0001 | MTC-00010651
Lie, Hakon Wium | 0001 | MTC-00022547
Lieb, Marlene | 0001 | MTC-00032676
Liebbe, Michael W. | 0001 | MTC-00014219
Liebe, Gary | 0001 | MTC-00025663
Liebeiman, Bruce | 0001 | MTC-00001315
Lieberman, Steve | 0001 | MTC-00006781
Lieberman, Steve | 0001 | MTC-00025739
Lieberman, Steve | 0001 | MTC-00012601
Liebezeit, Kurt | 0001 | MTC-00016346
Liebmann, James P. | 0001 | MTC-00033816
Liebowitz, Stan | 0002 | MTC-00024947
Liedtke, Bill | 0001 | MTC-00013351
Liedtke, Bill | 0001 | MTC-00005405
liegeois@ aol.com | 0001 | MTC-00017317
Lien, George | 0001 | MTC-00011019
Lien, Louis | 0001 | MTC-00005753
Liesenfelt, Peter | 0002 | MTC-00028983
Lieske, Jay | 0002 | MTC-00014769
Lifsey, Richard | 0001 | MTC-00023143
Lifsey, Richard | 0001 | MTC-00008658
Lifton, Mitchell | 0001 | MTC-00023228
Liggett, Mark D. | 0001 | MTC-00014351
Lightburn, Peter | 0001 | MTC-00002367
Lightfield, Jacqueline | 0001 | MTC-00004723
Lightsey, John | 0003 | MTC-00004438
Ligon, Ethan | 0001 | MTC-00016532
Liguori, Anthony | 0001 | MTC-00000417
Liles, Arthur | 0002 | MTC-00021633
Liles, Jerry B. | 0001 | MTC-00007944
Lilker, Lorraine | 0001 | MTC-00002466
Lill, Bruce | 0001 | MTC-00005048
Lilla, James A. | 0001 | MTC-00002639
Lillie, Dale | 0002 | MTC-00030598
Lillie, Dale G. | 0002 | MTC-00026847
Lilly, John | 0001 | MTC-00001838
Lilly, John | 0001 | MTC-00004646
liloc@ att.net | 0001 | MTC-00028121
Lilygren, jack | 0002 | MTC-00027142
Lim Swee Tat | 0001 | MTC-00020254
Lim, Greg | 0002 | MTC-00015702
Lima, Alex | 0001 | MTC-00005299
Limb, Ron | 0001 | MTC-00013902
Limmer, John | 0001 | MTC-00009165
limoman2929 | 0001 | MTC-00010721
Lin, Gary | 0002 | MTC-00025594
Lin, Joseph | 0001 | MTC-00028016
Lin, Luke | 0001 | MTC-00025678
Lin, Michael | 0001 | MTC-00001412
Lin, ShuJan | 0002 | MTC-00027905
Linamen, Herb | 0001 | MTC-00002352
Linberg, Steve | 0001 | MTC-00015396
Lincicum, Calin | 0001 | MTC-00013912
Lincoln, Beverly | 0001 | MTC-00026549
Lincoln, Brian | 0001 | MTC-00018653
Lincoln, H. | 0001 | MTC-00019259
Lind, Douglas | 0001 | MTC-00029520
Lind, Lesley | 0001 | MTC-00013218
Lindauer, Matt | 0001 | MTC-00014141
Lindberg, Van | 0002 | MTC-00019345
Linde, Peter | 0002 | MTC-00002266
Linde, Peter | 0001 | MTC-00001365
Lindell, Ross | 0003 | MTC-00031532
Lindell, thomas | 0003 | MTC-00015659
Lindeman, Andrew | 0001 | MTC-00009815
Lindeman, June | 0001 | MTC-00024228
Linden, Tracey | 0001 | MTC-00011695
Lindenberg, Barry | 0002 | MTC-00032022
Linder, Larry | 0003 | MTC-00003578
Linder, Paul | 0001 | MTC-00016852
Lindersmith, Jimmie | 0001 | MTC-00013961
Lindgren, Gary | 0002 | MTC-00003545
Lindgren, Gary | 0001 | MTC-00027018
Lindgren, Gary | 0001 | MTC-00023920
Lindgren, Tracy | 0003 | MTC-00028390
Lindinger, Bob | 0002 | MTC-00008781
Lindinger, Bob | 0002 | MTC-00014379
Lindley, Mike | 0001 | MTC-00009908
Lindner, James | 0001 | MTC-00029212
Lindner, Tim | 0001 | MTC-00016510
Lindon, Andy W. | 0001 | MTC-00026529
Lindsay, Alex | 0001 | MTC-00024194
Lindsay, David | 0001 | MTC-00003784
Lindsay, Donald C. | 0001 | MTC-00019642
Lindsay, Edwina | 0001 | MTC-00006708
Lindsay, John H. | 0004 | MTC-00027220
Lindsay, Ken | 0001 | MTC-00027889
Lindsay, Martell | 0001 | MTC-00005794
Lindsay, Neal | 0001 | MTC-00027933
Lindsay, Pat | 0001 | MTC-00025463
Lindsey, Elizabeth | 0001 | MTC-00011097
Lindsey, Jim | 0001 | MTC-00006399
Lindsey, Margaret | 0001 | MTC-00006876
Lindsey, Philip M., C.P.M. | 0001 | MTC-00007893
Lindsey, Scott | 0001 | MTC-00019075
Line, Moses | 0001 | MTC-00003347
Lineback, Nathan | 0001 | MTC-00026724
Lineberger, Dottie | 0001 | MTC-00031655
Linen, James | 0001 | MTC-00018666
Ling, Andrew | 0002 | MTC-00001120
Ling, Dana | 0001 | MTC-00023355
Linganna, Sanjay | 0001 | MTC-00018469
Lingelbach, Rob | 0001 | MTC-00024897
Lingerfelter, Tom | 0001 | MTC-00003294
Lingevithc, Joseph | 0001 | MTC-00015924
Lingham, Paul | 0001 | MTC-00011807
Lingo, Charles J. | 0003 | MTC-00024415
Linharat, Terry | 0001 | MTC-00000274
Linihger, Larry | 0002 | MTC-00028549
Linke, Steve | 0002 | MTC-00001472
Linker, Bill | 0001 | MTC-00007643
Linker, Mary | 0001 | MTC-00010558
Linn, David R. | 0001 | MTC-00020416
linnco | 0001 | MTC-00007990
Linnemann, Ernst | 0001 | MTC-00006916
Linowitz, Nathan M. | 0001 | MTC-00012305
Linstid, Chris | 0002 | MTC-00017744
Linstrom, Virginia | 0001 | MTC-00031865
Linton, James | 0001 | MTC-00009366
Linville, David | 0001 | MTC-00018560
Lipa, Bill | 0001 | MTC-00016412
Lipford, Charles | 0001 | MTC-00032639
Lipinski, Terrence | 0001 | MTC-00023964
Lipinski, Terrence V. | 0001 | MTC-00011197
Lipka, Margaret | 0001 | MTC-00021336
Lipofsky, Daniel | 0001 | MTC-00021850
Lipold, Albin | 0001 | MTC-00031665
Lipp, Richard | 0002 | MTC-00017585
Lipp, Robert | 0002 | MTC-00033082
Lipper, Mel | 0001 | MTC-00031993
Lippert, Robert | 0001 | MTC-00005332
Lippert, Ross | 0001 | MTC-00014985
Lippiatt, Adam | 0001 | MTC-00025774
Lippincott, Robert | 0001 | MTC-00009896
Liptock, Andrew | 0001 | MTC-00002527
Lipton, Douglas | 0001 | MTC-00009052
lisbethm | 0001 | MTC-00021400
Liscinsky, Dan | 0001 | MTC-00025493
Liskov, Nathan | 0001 | MTC-00012389
Lisle, Curtis | 0001 | MTC-00024327
Liss, Cynthia | 0001 | MTC-00006158
List, Sam | 0001 | MTC-00011539
Lister, George J. | 0001 | MTC-00000114
Lister, Troy | 0001 | MTC-00010694
Listo, Ronald | 0001 | MTC-00004590
Liston, John | 0004 | MTC-00001860
Liszewski, D. | 0001 | MTC-00002212
Liszewski, David J. | 0001 | MTC-00004745
Liszewski, David J. | 0001 | MTC-00002215
Litan, Robert; Noll, Roger; Nordhaus, William | 0075 | MTC-00013366
Litchfield, R. Michael | 0001 | MTC-00020733
Litherland, Josh | 0001 | MTC-00017983
Litigating States | 0075 | MTC-00030607
Litizzette, Ed | 0001 | MTC-00006994
Litt, Steve | 0004 | MTC-00023174
Littell, Judith | 0001 | MTC-00021496
Little Jr., David H. | 0001 | MTC-00029392
Little, Bob | 0001 | MTC-00005236
Little, Gary | 0001 | MTC-00000840
Little, George | 0001 | MTC-00029664
Little, Robert Lee | 0001 | MTC-00001909
Little, Roger | 0001 | MTC-00031820
Little, Ron | 0001 | MTC-00032777
Little, Ron | 0001 | MTC-00011785
Little, Ryan D. | 0001 | MTC-00021059
Little, Todd | 0001 | MTC-00004325
Littleangels1120@ msn.com | 0001 | MTC-00028202
Littlefield, Shannon | 0001 | MTC-00029277
Littlejohn, Thomas | 0001 | MTC-00022634
Littmann, David | 0001 | MTC-00032819
Litvak, Simon | 0001 | MTC-00006186
Liu, Amy | 0001 | MTC-00009140
Liu, Chappy | 0001 | MTC-00002166
Liu, Chappy | 0001 | MTC-00002312
Liu, Edward | 0001 | MTC-00025356
Liu, Linchuen | 0001 | MTC-00022595
Liu, Michelle | 0001 | MTC-00026782
Liu, William | 0002 | MTC-00030115
Liu, William | 0001 | MTC-00025244
Lively, Claudia | 0001 | MTC-00025162
Livengood, Dotti | 0001 | MTC-00024867
Livesay, David | 0001 | MTC-00019601
Livingston, Gene | 0001 | MTC-00016629
Livschitz, Leonard | 0001 | MTC-00021595
Lizano, JUanita | 0001 | MTC-00028009
Lizot, Patrick | 0001 | MTC-00009350
Lizotte, Carrie | 0001 | MTC-00031519
lj25seitz@ hotmail.com | 0001 | MTC-00024803
LJSJD19012@ aol.com | 0001 | MTC-00008156
LJSJD19012@ aol.com | 0001 | MTC-00014173
Llewellyn, David | 0001 | MTC-00013918
Llewellyn, Jay | 0006 | MTC-00027295
Llewellyn, Ken | 0001 | MTC-00025511
Llewellyn, Thomas | 0001 | MTC-00011517
Llewellyn, Thomas D. | 0001 | MTC-00006648
Llewellyn, Tom | 0001 | MTC-00021784
LLHubbard@ aol.com | 0001 | MTC-00010403
Lloyd, Betty | 0001 | MTC-00012175
Lloyd, CHris M. | 0001 | MTC-00011255
Lloyd, Doris | 0001 | MTC-00022202
Lloyd, Eron | 0002 | MTC-00017328
Lloyd, Jack | 0001 | MTC-00026987
Lloyd, James R. | 0001 | MTC-00008443
Lloyd, Richard | 0001 | MTC-00022141
Lloyd, Robert | 0001 | MTC-00033265
Lloydage1@ aol.com | 0001 | MTC-00007197
llwurstl@ juno.com | 0001 | MTC-00010442
lmalm@ bsu.edu | 0001 | MTC-00011409
LMD1418@ aol.com | 0001 | MTC-00008823
LMELittle@ aol.com | 0001 | MTC-00007253
Lntz, Edward S. | 0001 | MTC-00024067
Loagen, Richie | 0003 | MTC-00003704
Loanzon, Buddy | 0001 | MTC-00024132
Lobbezoo, Steven | 0001 | MTC-00020234
Lobel, Leslie | 0001 | MTC-00000030
Lobo, Michael | 0001 | MTC-00024223
Lobodzinski, Mark | 0001 | MTC-00022067
Lobosco, John | 0001 | MTC-00023205
Lobosco, Joseph | 0001 | MTC-00023202
Locanthi, Baret | 0002 | MTC-00028024
Locanthi, Bart N. | 0001 | MTC-00000517
Locatelli, Reubelita | 0001 | MTC-00013506
Lochen, Carl | 0003 | MTC-00030628
Lochen, Carl C. | 0003 | MTC-00029352
Lochren, Stephen | 0001 | MTC-00011096
Lock, Steven and Pamela | 0001 | MTC-00008402
Locke, Michael | 0001 | MTC-00013347
Locke, Mr. and Mrs. William G. | 0001 | MTC-00032014
Locke, Ralph | 0001 | MTC-00031211
Lockey, William | 0001 | MTC-00021574
Lockler, Lynn | 0001 | MTC-00006621
Lockner, Jeanne | 0001 | MTC-00030046
Lockner, Thom | 0001 | MTC-00025445
Lockwood, Jeff | 0001 | MTC-00021044
Lockwood, Robert N. | 0001 | MTC-00015301
Lococo, Mike | 0004 | MTC-00004717
Loden, J.D. | 0001 | MTC-00008122
Loder, Michael W. | 0001 | MTC-00023074
Lodwick, Richard | 0001 | MTC-00022546
Loeb, Kenneth G | 0001 | MTC-00012233
Loebel, B, Mitchell | 0001 | MTC-00005168
Loebel, Dale | 0001 | MTC-00002090
Loeber, Debe | 0001 | MTC-00033007
Loebig, Frank | 0001 | MTC-00001113
Loechner, Kevin | 0001 | MTC-00017193
Loeffler, Charles | 0002 | MTC-00032338
Loeffler, Geoffrey | 0001 | MTC-00014200
Loehr, Joseph | 0001 | MTC-00025166
Loendorf, Chris | 0001 | MTC-00017446
Loether, Jeff | 0001 | MTC-00033527
Loevner, Doris | 0001 | MTC-00031564
Loewe, Eldon | 0001 | MTC-00006745
Loewen, Jake | 0002 | MTC-00019302
Loffler, Ivan | 0001 | MTC-00021047
Lofland, Tandy and Mary | 0001 | MTC-00031933
Loflin, Randy | 0001 | MTC-00011369
Lofmark, Joyce | 0001 | MTC-00005877
Loftis, Ben | 0001 | MTC-00013438
Lofts, Ben | 0001 | MTC-00015501
Loftus, Mitch | 0001 | MTC-00002866
Logan | 0003 | MTC-00004503
Logan | 0001 | MTC-00011103
Logan, Bryan | 0002 | MTC-00017828
Logan, Jim | 0001 | MTC-00006322
Logan, Lucy | 0001 | MTC-00007543
Logan, Michael | 0002 | MTC-00019510
Logan, Patrick | 0001 | MTC-00018088
Logan, Shay | 0001 | MTC-00023876
Logdill, David | 0001 | MTC-00031533
Loggins, Grace | 0001 | MTC-00016306
Logue, Ed | 0001 | MTC-00007732
Lohman, Les | 0001 | MTC-00000911
Lohman, Tom | 0001 | MTC-00026164
Lohmann, Les | 0001 | MTC-00010487
Lohry, SM | 0001 | MTC-00023895
Lohse, Mary Beth | 0001 | MTC-00024425
Loindrith, George | 0001 | MTC-00031033
Lois | 0001 | MTC-00009197
Lokanath, Patel | 0001 | MTC-00001819
Lokar, Robert | 0001 | MTC-00020741
Lokavath, Peter | 0001 | MTC-00001481
lokofoed@ compuserve.com | 0001 | MTC-00000366
Lolelace, Irene | 0001 | MTC-00031954
Loli-Queru, Eugenia | 0002 | MTC-00023268
Lolos, Andy | 0001 | MTC-00006595
lolson | 0001 | MTC-00021352
Lombard, Steven | 0001 | MTC-00005476
Lombardo, Adam | 0002 | MTC-00031573
Lona50@ juno.com | 0001 | MTC-00010432
Lone, Stewart B. | 0001 | MTC-00017509
Lonergan, Karen | 0001 | MTC-00007270
Lones, Christi | 0002 | MTC-00030281
Loney, Steve | 0007 | MTC-00029624
Loney, Thomas H. | 0001 | MTC-00006448
Long, Alfred | 0001 | MTC-00019786
Long, Arch | 0001 | MTC-00017299
Long, Billy | 0001 | MTC-00029146
Long, Bob | 0001 | MTC-00011793
Long, Chris | 0001 | MTC-00008719
Long, David S. | 0002 | MTC-00001955
Long, E. Claudine | 0002 | MTC-00030090
Long, Eugene | 0001 | MTC-00021944
Long, Gloria | 0001 | MTC-00030361
Long, Go | 0001 | MTC-00020385
Long, Jim L. | 0001 | MTC-00029771
Long, Jim L. | 0001 | MTC-00030489
Long, John | 0001 | MTC-00017780
Long, John C. | 0001 | MTC-00013062
Long, Justin | 0001 | MTC-00010291
Long, Karawynn | 0001 | MTC-00023528
Long, Kennyth | 0001 | MTC-00012177
Long, Kevin | 0001 | MTC-00001321
Long, Michael | 0001 | MTC-00015881
Long, Mike | 0001 | MTC-00016239
Long, Nancy | 0001 | MTC-00029322
Long, Peggy | 0002 | MTC-00029948
Long, Philip I. | 0003 | MTC-00028326
Long, Shantay | 0001 | MTC-00018364
Long, Steve | 0001 | MTC-00003202
Long, Thomas | 0001 | MTC-00018619
Longabaugh, Bill | 0003 | MTC-00014843
Longariello, Robert | 0001 | MTC-00007829
Longfield, Michael | 0001 | MTC-00004618
Longhurst, James Lewis | 0001 | MTC-00015438
Longhurst, Valden | 0002 | MTC-00026425
Longmeier, J.R. | 0001 | MTC-00008108
Longthorne, John | 0001 | MTC-00010817
Longton, Andy | 0002 | MTC-00018351
Longton, Donna | 0001 | MTC-00006908
longuski@ juno.com | 0001 | MTC-00010876
Longworthy, Henry and Eleanor | 0001 | MTC-00030859
Lonnie | 0001 | MTC-00004313
Loo, Ed | 0001 | MTC-00031817
Looijen, Autumn | 0001 | MTC-00019029
Looke, David | 0004 | MTC-00004024
Loomer, Greg | 0001 | MTC-00008139
Loomis, Anna | 0001 | MTC-00031757
Loomis, David J. | 0001 | MTC-00008775
Looney, David J. | 0002 | MTC-00003022
Lopata, Dave | 0001 | MTC-00015285
Lopata, Kay | 0001 | MTC-00031198
Lope, Lois P. | 0001 | MTC-00025715
Lopez de Victoria, Jose L. | 0001 | MTC-00001060
Lopez, Bob | 0001 | MTC-00001679
Lopez, David | 0002 | MTC-00033042
Lopez, David | 0002 | MTC-00001466
Lopez, Domingo | 0001 | MTC-00015602
Lopez, Lou | 0002 | MTC-00025334
Lopez, Scott | 0001 | MTC-00014976
Lopez-Centellas, Alina | 0003 | MTC-00029747
LoPresti, Patrick J. | 0001 | MTC-00024411
Loptien, Donald | 0001 | MTC-00028941
Lorca-Martinez, Daniel A. | 0005 | MTC-00027593
Lord, Clint | 0001 | MTC-00003986
Lord, David | 0001 | MTC-00012443
Lord, David | 0001 | MTC-00020482
Lord, Laurie | 0002 | MTC-00032196
Lorenz, A | 0001 | MTC-00032806
Lorenz, Clyde | 0001 | MTC-00022120
Lorenz, Eric | 0004 | MTC-00015595
Lorenz, Paul | 0001 | MTC-00015676
Lorenz, Ruth | 0001 | MTC-00007164
Lorenz, Staton | 0001 | MTC-00007766
Lorenzen, Brar | 0001 | MTC-00027663
Lorenzen, Ed | 0001 | MTC-00020821
Lorenzini, Robert | 0001 | MTC-00016029
Lorenzini. Robert | 0001 | MTC-00000750
Lorgus, Eric R. | 0002 | MTC-00001830
lori-aulds@ hotmail.com | 0001 | MTC-00017222
Lorkin, Jane | 0001 | MTC-00005701
LOroake@ aol.com | 0001 | MTC-00023738
Loron, Peter | 0001 | MTC-00017561
Losada, George | 0001 | MTC-00014015
Loseth, H. Benjamin | 0001 | MTC-00007247
Loshin, Pete | 0001 | MTC-00016172
Loss, Doug | 0001 | MTC-00015291
Losse, John | 0001 | MTC-00004880
Losse, John | 0001 | MTC-00007906
Losso, Kevin | 0001 | MTC-00013134
Lott, Peter | 0002 | MTC-00024665
Lott, Rick | 0001 | MTC-00024577
Lotter, Johan | 0002 | MTC-00025967
Lotter, Johan L. | 0002 | MTC-00027972
Lotterman, Ken | 0001 | MTC-00019585
Lottes, Timothy | 0002 | MTC-00001209
Lottles, Chuck | 0001 | MTC-00000470
lottza-nivez@ hotmail.com | 0001 | MTC-00010448
lottza—wivez@ hotmail.com | 0001 | MTC-00014573
Lotus Inn | 0001 | MTC-00007892
Lou | 0001 | MTC-00000453
Louden, Chris | 0001 | MTC-00015891
Loudin, William | 0001 | MTC-00022934
Loughlin, Matthew | 0005 | MTC-00023961
Loughman, WD | 0001 | MTC-00023236
Loughran, Steve | 0004 | MTC-00022971
Louis Vonderscheer | 0001 | MTC-00019740
Louis, Dieter | 0001 | MTC-00005872
Louis, Gary | 0001 | MTC-00007291
louisceli@ aol.com | 0001 | MTC-00015983
Loumak@ aol.com | 0001 | MTC-00007924
Lounsberry, David | 0001 | MTC-00016698
Loutzenhiser, Adam | 0003 | MTC-00004001
Loutzenhiser, Adam | 0002 | MTC-00000778
Lovan, Shea A. | 0001 | MTC-00022537
Love, Bill | 0002 | MTC-00010269
Love, Donald | 0001 | MTC-00021557
Love, James | 0007 | MTC-00028313
Love, Jeanette | 0001 | MTC-00024032
Love, Michael | 0001 | MTC-00016098
Love, R. | 0001 | MTC-00022296
Love, Steve | 0001 | MTC-00028520
Love< Jerol | 0001 | MTC-00030064
Loveall, Jon | 0001 | MTC-00019936
Loveisky, Charles | 0001 | MTC-00031528
Lovejoy, Charlie | 0001 | MTC-00019670
Lovelace, Telly | 0002 | MTC-00033595
Loveland, Liz | 0001 | MTC-00027962
Lovell, Charles B. | 0001 | MTC-00013888
Lovell, Jeffrey | 0001 | MTC-00002349
lovellne@ aol.com | 0001 | MTC-00014545
Loveman, Tom | 0002 | MTC-00001957
Lovemycat@ aol.com | 0001 | MTC-00007692
Loven, Rosemary | 0001 | MTC-00027491
Loven, Rosemary | 0001 | MTC-00008924
Loveridge, Paul | 0001 | MTC-00014950
Loverling, David | 0001 | MTC-00023993
Lovern, Carolyn | 0001 | MTC-00033121
Lovett, Chris | 0001 | MTC-00011085
Lovine, Fred | 0001 | MTC-00015677
Loving, Ben/Joyce | 0001 | MTC-00009907
Low, Donald R. | 0001 | MTC-00006370
Low, Kevin | 0001 | MTC-00004158
Low, Peter | 0001 | MTC-00018428
Low, Robert | 0001 | MTC-00000314
Lowder, Josef | 0002 | MTC-00009212
Lowe, Daniel | 0002 | MTC-00019666
Lowe, David | 0001 | MTC-00004263
Lowe, George | 0001 | MTC-00021768
Lowe, Kevin M. | 0001 | MTC-00017163
Lowe, Khan | 0002 | MTC-00014160
Lowe, Ray | 0001 | MTC-00002302
Lowell | 0001 | MTC-00000938
Lowell, Jim | 0001 | MTC-00007167
Lowell, Joan | 0001 | MTC-00006915
Lowell2@ webbster-prmt | 0001 | MTC-00004116
Lowenberg, Colin | 0001 | MTC-00010785
Lowenstein, Mark | 0001 | MTC-00021294
Lowenthal, Richard | 0001 | MTC-00002202
Lower, Fern | 0001 | MTC-00011398
Lower, Justin | 0001 | MTC-00028511
Lowerthal, Richard | 0002 | MTC-00011903
Loweth, Christian | 0001 | MTC-00000280
Loweth, Christian | 0001 | MTC-00002013
Lowgun | 0001 | MTC-00000776
lowgun@ optonline.net | 0001 | MTC-00016623
Lowne, Duncan | 0001 | MTC-00016369
Lowney, Fank | 0001 | MTC-00000629
Lowney, Frank | 0001 | MTC-00001515
Lowperthwaite, Michael | 0001 | MTC-00021346
Lowrance, John R. | 0001 | MTC-00007759
Lowrey, Frank | 0001 | MTC-00014358
Lowry, Ed | 0006 | MTC-00033296
Lowry, Jeff | 0001 | MTC-00013653
Lowry, Kathy | 0001 | MTC-00020536
Lowry, Kathy | 0001 | MTC-00020541
Lowther, Deanna | 0001 | MTC-00021096
Lowther, Gary | 0001 | MTC-00003044
Loy, Betty | 0001 | MTC-00005532
Loy, Bob | 0001 | MTC-00002787
Loy, Bob | 0001 | MTC-00002791
Loyd, Creola | 0001 | MTC-00006155
Loynd, Ricky | 0001 | MTC-00007780
Loytty, Bill | 0001 | MTC-00010669
Lozanne, Robert | 0001 | MTC-00014726
Lozer, Dan | 0001 | MTC-00013162
LPeterson2@ aol.com | 0001 | MTC-00009654
Lpoezs, R. | 0001 | MTC-00012410
lpropheter | 0001 | MTC-00025194
lrhino@ dcavis.com | 0001 | MTC-00028234
Lrvin, Robert | 0001 | MTC-00023572
lsca@ mindspring.com | 0001 | MTC-00010933
lscott@ dollar.com | 0001 | MTC-00028639
LSeib14844@ aol.com | 0001 | MTC-00006960
LSUangel56@ aol.com | 0001 | MTC-00028153
Lu, Chaw | 0001 | MTC-00031247
Lu, Khai | 0001 | MTC-00013183
Lu, Min Hue | 0001 | MTC-00011772
lu-su@ clarityconnect.com | 0001 | MTC-00028180
Luabenstein, Ray | 0001 | MTC-00023101
LUABEYA@ aol.com | 0002 | MTC-00001773
Lubbers, Beverly | 0001 | MTC-00010590
Lubbers, Dick | 0001 | MTC-00010591
Luber, Carol | 0001 | MTC-00005770
Lubin, Joseph | 0001 | MTC-00019968
Lublink, Andrea | 0001 | MTC-00021542
Luby, Thomas | 0001 | MTC-00005507
Luby, Thomas F. | 0001 | MTC-00003910
Luc, Bien | 0003 | MTC-00024627
Lucanov, Sergei | 0001 | MTC-00001994
Lucas, James | 0001 | MTC-00012179
Lucas, John | 0001 | MTC-00013650
Lucas, John | 0001 | MTC-00022685
Lucas, Michael | 0001 | MTC-00014885
Lucas, Richard | 0001 | MTC-00014586
Lucas, Robert | 0002 | MTC-00017180
Lucas, Sandra D. | 0001 | MTC-00033620
Lucas, Sarha | 0001 | MTC-00021528
Lucas, Stephen | 0001 | MTC-00014777
Lucas, Steven | 0001 | MTC-00016541
Lucchesi, Nello | 0001 | MTC-00001175
Lucchesi, Ruth A. | 0001 | MTC-00007663
Luceute, Anthony | 0001 | MTC-00021743
Lucey, James | 0001 | MTC-00026555
Lucha, James | 0003 | MTC-00023952
Lucha, Jennifer | 0001 | MTC-00010989
Luciani, Ralph D. | 0001 | MTC-00001541
Lucier, Ryan | 0001 | MTC-00024452
Lucio, Tony | 0003 | MTC-00003777
Luck, Dale | 0003 | MTC-00016947
Luckie, Chris and John | 0001 | MTC-00023752
Lucking, Thomas | 0001 | MTC-00022396
Lucks, William G. | 0001 | MTC-00011970
Lucky, Dan | 0001 | MTC-00030126
Lucky, Dan | 0002 | MTC-00028951
Luckypuppy12@ aol.com | 0002 | MTC-00029443
Luctta, Don | 0001 | MTC-00031824
Lucza, Paul | 0001 | MTC-00026250
Ludden, Elizabeth G. | 0001 | MTC-00030412
Ludebrek, Dustin | 0001 | MTC-00025560
Ludecke, Paul | 0001 | MTC-00021632
Ludgevardi, Ghassem | 0001 | MTC-00020285
Ludlow, James | 0001 | MTC-00000234
Ludlow, Peter | 0001 | MTC-00021797
Ludlum, Eric | 0001 | MTC-00019077
Ludwig, Howard W. | 0002 | MTC-00026951
Ludwig, Lisa | 0001 | MTC-00028629
Ludwig, Richard | 0001 | MTC-00029254
Ludwig, Stephen | 0001 | MTC-00013106
Luehrs, Harold | 0001 | MTC-00012950
Luggers, Andy | 0002 | MTC-00016580
Lughaw, Richard | 0001 | MTC-00027636
Lugo, Frank | 0001 | MTC-00000161
Luha, J. | 0003 | MTC-00033414
Luhring, Gwen | 0001 | MTC-00032908
Luhrs, Bob | 0001 | MTC-00005865
Luikaant | 0001 | MTC-00030538
Lukens, David | 0001 | MTC-00015243
Lukens, David | 0001 | MTC-00033858
Lukitsch | 0001 | MTC-00012719
Lukshin, Alex | 0002 | MTC-00004621
lulbers | 0001 | MTC-00025197
Lum, Abe | 0001 | MTC-00029371
Lum, Wesley | 0001 | MTC-00007155
Lumbard, Callene | 0001 | MTC-00008278
Lumma, Carl | 0002 | MTC-00000575
Lumpkin, Chad | 0001 | MTC-00015522
Luna, Aquiles | 0001 | MTC-00016575
Luna, Gustavo | 0001 | MTC-00013892
Luna, Richard E. | 0001 | MTC-00001784
Lund, Kenneth | 0001 | MTC-00016221
Lund, Ray | 0001 | MTC-00013599
Lund, Rob | 0001 | MTC-00009592
Lundahl, Daniel | 0001 | MTC-00031416
Lundberg, Andrew | 0001 | MTC-00016000
Lundberg, Barbara | 0001 | MTC-00023062
Lundberg, Brian | 0001 | MTC-00023067
Lunde, Oystein | 0001 | MTC-00021596
Lundell, Bill | 0002 | MTC-00002506
Lundgren, Andrew | 0001 | MTC-00021461
Lundgren, Andrew B. | 0001 | MTC-00002003
Lundquist, Don | 0001 | MTC-00018621
Lundquist, Larry | 0001 | MTC-00011386
Lundquist, Larry | 0001 | MTC-00003932
Lundsgaard, Mary Jane | 0001 | MTC-00006845
Lundstrom, Sim | 0002 | MTC-00026694
Lundy, Mike | 0001 | MTC-00014925
Lung, Samuel S. | 0001 | MTC-00025552
Lunkes, John | 0002 | MTC-00033097
Lunn, Jeremy | 0002 | MTC-00020720
Lunn, Mike | 0001 | MTC-00019471
Luno, Brock | 0001 | MTC-00006863
Lunsford, George | 0001 | MTC-00018170
Lunt, Curtis | 0001 | MTC-00019564
Luongo, John | 0001 | MTC-00010514
Lupa, Jonathan | 0001 | MTC-00023903
Lupa, Jonathan | 0001 | MTC-00033396
Lupa, Paul | 0001 | MTC-00015177
Lupher, T. Trigg | 0001 | MTC-00023788
Lupinetti, Tom | 0001 | MTC-00030788
Luppino, Nathan | 0001 | MTC-00012536
Lupton, Chrisoopher L. | 0001 | MTC-00011234
Lurey, Edward | 0002 | MTC-00030241
Lurie-Terrell, Joshua | 0001 | MTC-00000113
Lurrey, Dan | 0001 | MTC-00022955
Lusardi, Thom | 0001 | MTC-00026939
Luscher, Steven | 0001 | MTC-00001680
Lusk, Daniel | 0001 | MTC-00020832
Lusk, James | 0001 | MTC-00020823
Lusk, John | 0001 | MTC-00015639
Lusk, John | 0001 | MTC-00015658
Lusk, Jonathan | 0001 | MTC-00020831
Lusk, Laurie | 0001 | MTC-00020815
Lusk, Laurie | 0001 | MTC-00020817
Lussier, Edwin J. | 0001 | MTC-00018616
Lussier, Kyle | 0006 | MTC-00030650
Lussier, Kyle | 0002 | MTC-00000299
Lussier, Kyle | 0001 | MTC-00023593
Lussier, Kyle | 0001 | MTC-00023623
Lussier, Paul | 0002 | MTC-00015384
Lussier, Steve | 0001 | MTC-00008352
Lussow, John W. | 0001 | MTC-00000461
Lut, Pig | 0001 | MTC-00006308
Lutey, Dorothy | 0001 | MTC-00024859
Lutfallah, Elias | 0001 | MTC-00016407
Luther, Edward | 0001 | MTC-00024611
Luther, Erik | 0001 | MTC-00002920
Luther, James | 0001 | MTC-00019789
Luther, Jay W. | 0002 | MTC-00024703
Luther, Tom | 0002 | MTC-00032575
Luther, Tom | 0001 | MTC-00006017
Luthman, Aaron | 0001 | MTC-00003797
Lutkenhouse, Sean | 0001 | MTC-00027109
Luttman, Aaron | 0001 | MTC-00015643
Lutz, Dennis II | 0001 | MTC-00010790
Lutz, Norm nmlute@ netscape.net | 0001 | MTC-00000194
Lutz, Zach | 0001 | MTC-00003629
Luzanskaya, Marina | 0001 | MTC-00027768
Luzenski, James | 0001 | MTC-00018139
Lvadimir | 0001 | MTC-00015127
Lvann.albertson@ verizon.net | 0001 | MTC-00011314
Lyall, Tony | 0001 | MTC-00005038
Lybbert, Max | 0001 | MTC-00000279
Lybyer, Dean E. | 0001 | MTC-00006832
Lyda, Kevin | 0001 | MTC-00015237
Lyda, Kevin | 0001 | MTC-00004847
Lyday, Robert | 0001 | MTC-00008276
Lyden, Diane | 0001 | MTC-00030329
Lydic, Helen | 0001 | MTC-00025575
Lydic, Helen | 0001 | MTC-00029084
Lydon, Thos | 0001 | MTC-00002500
Lydon, Thos | 0001 | MTC-00013854
Lykins, Ruth | 0001 | MTC-00009612
Lyle, Marie | 0001 | MTC-00018632
Lyle, Robert | 0001 | MTC-00029554
lyllacarter@ hotmail.com | 0001 | MTC-00017270
Lyman, Joseph | 0002 | MTC-00016661
Lyman, Rod | 0001 | MTC-00025838
Lymen, Jack | 0001 | MTC-00021412
Lynch, Anne | 0002 | MTC-00029917
Lynch, Carole | 0001 | MTC-00009575
Lynch, Dan | 0001 | MTC-00023367
Lynch, Edward | 0001 | MTC-00000915
Lynch, Jack | 0001 | MTC-00000953
Lynch, Jim | 0001 | MTC-00011667
Lynch, Neil | 0004 | MTC-00002077
Lynch, Reagan | 0001 | MTC-00020322
Lynch, Thomas G. | 0001 | MTC-00014593
Lynch, Tom | 0001 | MTC-00030922
Lynch, Travis | 0001 | MTC-00022832
Lyne, Nevin | 0002 | MTC-00001826
Lynn Chuck | 0001 | MTC-00013789
Lynn Dobbs | 0001 | MTC-00019718
Lynn III, William A. | 0001 | MTC-00020002
Lynn, Ed | 0001 | MTC-00003014
Lynn, Edwin | 0001 | MTC-00011620
Lynn, Marjorie A. | 0001 | MTC-00011615
Lynn, Robert J. | 0001 | MTC-00000428
Lynne 2 | 0001 | MTC-00003591
Lyon, Cynthia M. | 0002 | MTC-00030466
Lyon, Dave | 0001 | MTC-00016279
Lyon, David | 0001 | MTC-00004820
Lyon, James | 0002 | MTC-00001692
Lyon, Keith | 0001 | MTC-00002953
Lyon, Matt | 0001 | MTC-00002024
Lyon, Richard | 0001 | MTC-00006023
Lyon, Rick | 0001 | MTC-00014193
Lyons, Charles | 0001 | MTC-00012424
Lyons, Charles | 0001 | MTC-00009695
Lyons, Dean | 0001 | MTC-00032650
Lyons, Ed | 0001 | MTC-00004251
Lyons, GS | 0001 | MTC-00017701
Lysinger, Sam | 0002 | MTC-00004713
Lytle, James W. | 0001 | MTC-00022797
Lytle, Mark | 0002 | MTC-00015737
Lytle, Seth | 0001 | MTC-00017050
Lyu, Seung | 0001 | MTC-00006491
M | 0001 | MTC-00004108
M&T Properties | 0002 | MTC-00030780
M. M. | 0001 | MTC-00019989
M.martwick@ att.net | 0001 | MTC-00008234
Ma, Norman K. | 0001 | MTC-00013988
Maamouri, Sara | 0001 | MTC-00016765
Maanum, Dale | 0001 | MTC-00020594
Maar, Herbert | 0002 | MTC-00030755
Maas, Randy | 0001 | MTC-00029901
Mabb, Ralph | 0001 | MTC-00013436
Mabe, Dale | 0001 | MTC-00006874
Maberry, Capp | 0001 | MTC-00016688
Mabey, Glenn | 0001 | MTC-00033222
Mac Ginitie, Gordon | 0001 | MTC-00026813
Mac Lachlan, ALan L. | 0001 | MTC-00006515
Mac Vean, David | 0001 | MTC-00006091
Maca, Patricia | 0001 | MTC-00031298
Macaddictfan@ cs.com | 0001 | MTC-00014149
MacAllister, Bill | 0001 | MTC-00001131
Macaluso, Ameta | 0001 | MTC-00014281
Macaluso, Anthony | 0001 | MTC-00011771
MacArthur, Barbara | 0001 | MTC-00025981
MacArthur, Michael | 0002 | MTC-00032460
MacArthur, Walter | 0001 | MTC-00016383
MacBride, Lucas | 0001 | MTC-00016223
MacCallum, Robert | 0001 | MTC-00008009
Maccaro, Joseph | 0001 | MTC-00007897
Maccaro, Joseph | 0001 | MTC-00011470
MacDonald | 0001 | MTC-00013955
MacDonald, Alan | 0001 | MTC-00015121
MacDonald, Alan | 0001 | MTC-00015118
MacDonald, Allan | 0002 | MTC-00003165
MacDonald, Dave | 0001 | MTC-00015606
MacDonald, Dorothy | 0001 | MTC-00007941
MacDonald, Dorothy | 0001 | MTC-00012558
Macdonald, Glenda | 0001 | MTC-00021793
MacDonald, Jamie | 0001 | MTC-00020337
MacDonald, Jean | 0001 | MTC-00014756
MacDonald, Kren | 0001 | MTC-00029931
MacDonald, Lawrence | 0001 | MTC-00008882
MacDonald, Max | 0001 | MTC-00001867
MacDonald, Ryan | 0001 | MTC-00024573
MacDonald, Stephen | 0001 | MTC-00011882
MacDonald, Timothy | 0001 | MTC-00016300
Macdougall, Alan | 0001 | MTC-00014620
MacDougall, Shaun | 0002 | MTC-00026996
MacDuffie, Patty | 0001 | MTC-00005692
MacDuffie, Patty | 0001 | MTC-00019761
Mace, Nathan | 0001 | MTC-00019994
Macek, Jane | 0001 | MTC-00012631
Macey, Jim M. | 0001 | MTC-00029527
MacFarland, Jane | 0001 | MTC-00032618
MacGinitie, Andrew | 0001 | MTC-00023682
MacGlashan, Donald | 0001 | MTC-00013623
MacGrogan, Robert | 0002 | MTC-00003228
Mach, Roger | 0001 | MTC-00017737
Machado, Frank | 0002 | MTC-00032265
Machaevich, Steven | 0001 | MTC-00024301
Machala, Greg | 0004 | MTC-00004226
Machala, Greg | 0005 | MTC-00004228
Machala, Gregory | 0005 | MTC-00030680
Machemer, Chris | 0001 | MTC-00014882
Macias, Ulice | 0001 | MTC-00010018
Mack, Dean | 0001 | MTC-00031053
Mack, Frank | 0001 | MTC-00008753
Mack, John | 0001 | MTC-00012265
Mack, John M. | 0001 | MTC-00031178
Mack, Judith A. | 0001 | MTC-00031202
MacKay, Benjamin | 0001 | MTC-00018755
Mackay, Craig | 0001 | MTC-00014199
Mackay, Roy | 0001 | MTC-00019142
Mackay, William | 0001 | MTC-00024317
Mackelprange, Steve | 0001 | MTC-00008608
Macken, Kevin | 0001 | MTC-00020276
MacKenzie, Drew | 0001 | MTC-00002780
Mackenzie, Mark | 0001 | MTC-00024166
MacKenzie, William | 0001 | MTC-00007874
MacKersie, David | 0001 | MTC-00027671
Mackert, Julie | 0001 | MTC-00024040
Mackett, Kevin | 0001 | MTC-00013467
Mackey, Davidw | 0001 | MTC-00011852
Mackey, John | 0001 | MTC-00012168
Mackey, Marcus | 0004 | MTC-00013746
Mackie, Curt | 0001 | MTC-00007976
MacKinnon, Ron | 0002 | MTC-00025320
Mackne, Patty | 0001 | MTC-00006107
Mackne, Patty | 0001 | MTC-00022329
Macknight, Eric | 0001 | MTC-00009847
MacKnight, Eric | 0001 | MTC-00002025
Macko, John | 0001 | MTC-00014288
Macky | 0001 | MTC-00020776
MacLaughlin, James | 0001 | MTC-00007881
MacLea, Kyle S. | 0001 | MTC-00017897
MacLead, Matthew | 0001 | MTC-00007076
MacLeod, Bryan | 0001 | MTC-00002782
MacLeod, John | 0001 | MTC-00003741
MacLeod, Richard | 0001 | MTC-00019680
MacManus, Brian | 0001 | MTC-00001668
Macmd | 0001 | MTC-00004321
MacNeal, John | 0001 | MTC-00005378
MacNeil, Mark | 0001 | MTC-00029264
Macon, Roger | 0001 | MTC-00005918
macpros@ pacbell.net | 0001 | MTC-00014662
macsrus@ papadocs.com | 0001 | MTC-00002638
Mactech@ mac.com | 0001 | MTC-00002081
Mactye, David C. | 0001 | MTC-00008726
MacVase, Myles | 0001 | MTC-00025675
MacVittie, Cori | 0002 | MTC-00019150
MacVittie, Donald W. | 0001 | MTC-00014452
macworks@ telocity.com | 0001 | MTC-00024504
macworks@ telocity.com | 0001 | MTC-00001695
Macy, Carolyn | 0001 | MTC-00023621
Macy, Carolyn | 0001 | MTC-00023622
Mad | 0001 | MTC-00008116
Madancy, Steve | 0001 | MTC-00021916
Madaus, Edward P. | 0001 | MTC-00031192
Maddad, Philip | 0001 | MTC-00010655
Madden, Joseph | 0001 | MTC-00014196
Madden, Ken | 0001 | MTC-00000073
Madden, Mike | 0001 | MTC-00005585
Maddock, Gerry | 0001 | MTC-00002794
maddog338@ home.com | 0001 | MTC-00016016
Maddox, Don | 0001 | MTC-00026710
Maddox, J. Edward | 0001 | MTC-00014156
Maddox, Jonathan | 0001 | MTC-00019999
Maddux, Daniel | 0047 | MTC-00021587
Maddy, Daniel | 0001 | MTC-00026611
Maddy, Paul | 0001 | MTC-00012956
Maddy, Paul | 0001 | MTC-00021160
Mader, Greg | 0001 | MTC-00009756
Mader, Greg | 0001 | MTC-00001800
Mader, John | 0001 | MTC-00009255
Mader, John | 0001 | MTC-00032410
Madeya, Robert | 0001 | MTC-00023351
Madhavan, S. | 0001 | MTC-00010554
Mading, Steven L. | 0001 | MTC-00026950
Madison, David Ljung | 0001 | MTC-00004167
MAdison, Toby R. | 0002 | MTC-00006918
Madrid, Javier | 0002 | MTC-00033559
Madrid, Javier L. | 0002 | MTC-00027498
Madrid, Patricia A. | 0001 | MTC-00030427
Madril, Richard | 0002 | MTC-00025528
Madrilejo, Nelson | 0001 | MTC-00022872
Madsell, Jerry L | 0003 | MTC-00030057
Madsen, Carol | 0001 | MTC-00009503
Madsen, Craig | 0002 | MTC-00032433
Madsen, Craig | 0002 | MTC-00009734
Madsen, Lavon | 0001 | MTC-00013299
Maduniho@ aol.com | 0001 | MTC-00005601
Mae-Sallee Beals | 0001 | MTC-00013947
maemac@ myexcel.com | 0001 | MTC-00016004
Maffeo, Robin | 0001 | MTC-00011809
Magdsick, Karl A. | 0001 | MTC-00022363
Mage, Dark | 0002 | MTC-00023704
Magee, Russell | 0002 | MTC-00000568
Magee, Terry | 0001 | MTC-00019771
Maggard, Bryan | 0001 | MTC-00024537
Maggio, Russell | 0001 | MTC-00014113
Magill, Mick | 0001 | MTC-00018361
Magill, Stephen | 0001 | MTC-00020110
Magillanix | 0001 | MTC-00003068
Magliacane, Jane | 0002 | MTC-00033149
Magnoli, Douglas E. | 0001 | MTC-00020372
Magnus, Jonathan E. | 0002 | MTC-00004074
Magnuson, Mark | 0001 | MTC-00033721
Magnuson, Roy | 0001 | MTC-00005668
Magnuson, Tony | 0001 | MTC-00024692
Magnussen, Clif | 0001 | MTC-00012015
Magnusson, B. Eric | 0002 | MTC-00002334
Magrie, Joel | 0001 | MTC-00016273
Maguire, Camm | 0001 | MTC-00022068
Magunsson, Baiss | 0001 | MTC-00033823
Magure, Bonnie | 0001 | MTC-00012075
Magyar, Joel | 0001 | MTC-00006422
Mah, Carole E. | 0001 | MTC-00023211
Mah, Diana | 0002 | MTC-00011218
Mahajan, Lalitha | 0001 | MTC-00011476
Mahalle@ aol.com | 0001 | MTC-00005741
Mahan, Patrick, R. | 0001 | MTC-00006432
Mahan, Robert | 0001 | MTC-00016602
Mahant, Camille | 0001 | MTC-00025903
Mahar, Lawrence | 0002 | MTC-00027108
Mahar, Lawrence W. | 0001 | MTC-00027238
Maher, Jack | 0002 | MTC-00002079
Maher, Karl | 0001 | MTC-00014275
Maher, Linda | 0001 | MTC-00028742
Maheshwari, Kamal | 0001 | MTC-00021626
Maheuy, Gedeon | 0001 | MTC-00001833
Mahle, Brad | 0001 | MTC-00023733
Mahn, Justin | 0001 | MTC-00014914
Mahn, Justin | 0001 | MTC-00004695
Mahoney, Bert | 0001 | MTC-00001778
MaHoney, Larry | 0001 | MTC-00011067
Mahoney, Mike | 0001 | MTC-00000392
Mahoney, Pat | 0002 | MTC-00026573
Mahoney, Patrick | 0001 | MTC-00026393
Mahoney, Thomas | 0001 | MTC-00019529
Mahony, Pamel | 0001 | MTC-00033804
Mahorain, Naho | 0002 | MTC-00031250
Maiale, Anthony | 0001 | MTC-00008699
Maicki, Henry | 0001 | MTC-00030048
Maid, Joe | 0008 | MTC-00025299
Maier-Sugg, Ann and Bob | 0001 | MTC-00001010
Maier-Sugg, Anna C. | 0001 | MTC-00004445
Maignan, Didier | 0001 | MTC-00007833
Mail@ hand-shake.com | 0001 | MTC-00010908
Mailmaster@ Valmarisi.com | 0001 | MTC-00002322
Main, Todd | 0001 | MTC-00013877
Maines, Roy | 0001 | MTC-00006000
Maines, Vivian R. | 0001 | MTC-00007486
Maino, Sandra | 0001 | MTC-00012022
mainseq@ thevine.net | 0001 | MTC-00010375
Maiolo, Al | 0001 | MTC-00008247
Maisel, Cecilia | 0002 | MTC-00033198
Majeske, Joseph | 0001 | MTC-00021842
Majewski Jr., Harry | 0001 | MTC-00029551
Major, Bryan K. | 0001 | MTC-00032537
Major, Byron | 0001 | MTC-00010002
Major, John | 0001 | MTC-00007978
Major, Sage | 0001 | MTC-00016173
Major, Sean | 0001 | MTC-00014030
Majors, Floyd | 0001 | MTC-00032711
Majors, Forest | 0001 | MTC-00005392
Majors, Georgene | 0001 | MTC-00006740
mak@ tweny.rr.com | 0001 | MTC-00017324
Makara, John | 0001 | MTC-00005246
Maker, Rachel | 0001 | MTC-00029603
Maki, Daisuke | 0001 | MTC-00018316
Maki, Jolie | 0001 | MTC-00025257
Malak, Mary | 0001 | MTC-00020311
Malapero, Raymond | 0001 | MTC-00013140
Malarbi, Adrian | 0001 | MTC-00013150
Malaska, Lonnie | 0001 | MTC-00008414
Malaska, Teo | 0001 | MTC-00017728
Malatesta, Janet E. | 0001 | MTC-00026591
malcom (Art Dept) | 0001 | MTC-00013387
Maldonado | 0001 | MTC-00014466
Malen, Patricia | 0001 | MTC-00014190
Maler, Nick | 0001 | MTC-00009763
Maletic, tim | 0001 | MTC-00015460
Malgieri, William | 0001 | MTC-00001218
Malhotra, Shiven | 0003 | MTC-00029029
Maligranda, Ted | 0001 | MTC-00008463
Maliman, Eloyce C. | 0001 | MTC-00007568
Malin, Andre | 0001 | MTC-00006843
Malin, John | 0002 | MTC-00010155
Malinowski | 0001 | MTC-00032961
Malins, Jeff | 0001 | MTC-00019418
Malish, Josh | 0001 | MTC-00024079
Malivuk, John | 0001 | MTC-00033016
Malixi, Vicente | 0002 | MTC-00001339
Malixi, Vip | 0003 | MTC-00001343
Malixi, Vip | 0004 | MTC-00003800
Mallamo, Richard | 0001 | MTC-00001817
Mallamo, Richard | 0001 | MTC-00003842
Mallard, Virginia | 0001 | MTC-00031651
Mallery, Dave | 0001 | MTC-00021918
Mallett, Bruce | 0001 | MTC-00017648
Mallick, earl W. | 0001 | MTC-00030524
Malloroy, Tim | 0001 | MTC-00009897
Mallory, Duan C. | 0001 | MTC-00004054
Mallory, Michael | 0001 | MTC-00003389
Malloy, J. | 0001 | MTC-00008281
Malloy, J. | 0001 | MTC-00012597
Malloy, Sean C. | 0001 | MTC-00016579
Malnak, Alan | 0001 | MTC-00004611
Malnak, Alan | 0001 | MTC-00006887
Malneritch, Jim | 0001 | MTC-00026450
Malone, Angie | 0001 | MTC-00002282
Malone, Chris | 0001 | MTC-00029660
Malone, Mark | 0001 | MTC-00013612
Malone, Ray | 0001 | MTC-00012878
Malone, Tim | 0001 | MTC-00019757
Malone, Tom | 0001 | MTC-00016418
Maloney | 0001 | MTC-00007545
Maloney, Evan | 0001 | MTC-00016675
Maloney, Jeff | 0001 | MTC-00024018
Maloney, Michael and Louise | 0001 | MTC-00021769
Maloney, Simone | 0001 | MTC-00010404
Maloney, Susan | 0002 | MTC-00001167
Malony, Allen D. | 0001 | MTC-00020417
Malott, Dale | 0001 | MTC-00009364
Malouf, Fred | 0001 | MTC-00024359
Malouf, Mitch | 0001 | MTC-00009181
malppert@ bestweb.net | 0001 | MTC-00013808
Malson, Rex R. | 0001 | MTC-00011756
Maltley, Joe | 0001 | MTC-00026670
Mammanella, Mike | 0002 | MTC-00029346
mammarob2@ prodigy.net | 0001 | MTC-00024276
Mamon, Jun | 0001 | MTC-00011226
Mamon, Mylene | 0002 | MTC-00028457
Mamon, Reynold | 0002 | MTC-00028454
Mamon, Rose | 0001 | MTC-00028460
Man, Yanchou | 0001 | MTC-00016678
Manahan, Lyn | 0001 | MTC-00009694
Manasse, Christian | 0001 | MTC-00004458
Manasse, Christian | 0001 | MTC-00013160
Manasse, Christian | 0001 | MTC-00001702
ManbytsDog@ aol.com (Johns) | 0001 | MTC-00000741
Mancini, Aldo | 0002 | MTC-00027830
Mancini, Joseph | 0001 | MTC-00030944
Mandas, Stephen | 0005 | MTC-00002939
Mandel, David | 0002 | MTC-00033592
Mandel, Mary Ann | 0001 | MTC-00014066
Mander, Ian | 0002 | MTC-00002117
Mandie(b) | 0001 | MTC-00019977
Mandli, Kyle | 0001 | MTC-00019250
Manela, Aaron | 0001 | MTC-00016106
Manes, Victoria | 0002 | MTC-00032496
Manes, Victoria | 0002 | MTC-00032497
Maness, Deborah | 0001 | MTC-00000852
Manfradi, Charles and Dolores | 0001 | MTC-00030422
Manga, Anthony | 0001 | MTC-00021760
Mangakis, Camille | 0001 | MTC-00008514
Mangan, Anthony | 0001 | MTC-00012360
Mangan, Anthony | 0001 | MTC-00028999
Mangiafico, Paolo | 0001 | MTC-00021497
Mangiamele, Deborah | 0001 | MTC-00005597
Manglani, Rajiu Aaron | 0001 | MTC-00022394
Mangold, Adam | 0001 | MTC-00029892
Mangum, Roy W. | 0001 | MTC-00007618
Manheim, Frank | 0002 | MTC-00000615
Manhollan, John W. | 0001 | MTC-00027985
Maniace, Vincent | 0001 | MTC-00003296
manjoine, Christopher | 0002 | MTC-00013371
Mankiewicz, Sam | 0001 | MTC-00019877
Manley, Kip | 0001 | MTC-00018990
Manley, Mark | 0001 | MTC-00019398
Mann, Bill | 0001 | MTC-00009339
Mann, Bruce | 0001 | MTC-00009904
Mann, D. | 0001 | MTC-00000793
Mann, Dan B. | 0001 | MTC-00017181
Mann, Daniel | 0001 | MTC-00004633
Mann, Daniel | 0001 | MTC-00004635
Mann, David | 0002 | MTC-00015005
Mann, Joel | 0001 | MTC-00009398
Mann, Pamela | 0001 | MTC-00028282
Mann, Virginia | 0001 | MTC-00029884
Mann, Virginia | 0001 | MTC-00027880
Mann, Warren | 0001 | MTC-00003988
Mannay, Larry | 0001 | MTC-00011237
Mannes, Deborah | 0001 | MTC-00020834
Manning, Betty | 0001 | MTC-00007202
Manning, Greg | 0001 | MTC-00005097
Manning, John | 0001 | MTC-00002444
Manning, John | 0001 | MTC-00022323
Manning, John | 0001 | MTC-00008513
Manning, John | 0002 | MTC-00012106
Manning, Joseph T. | 0002 | MTC-00013096
Manning, Mark | 0003 | MTC-00002516
Manning, Scott Elizabeth | 0001 | MTC-00020513
Manning, Trevor | 0001 | MTC-00016308
Mannino, Carl | 0001 | MTC-00020601
Mannisto, Keith | 0001 | MTC-00015704
Mannix, Diane | 0001 | MTC-00014349
Mannix, Joseph R. | 0001 | MTC-00006855
Mannix, Ralph | 0001 | MTC-00014350
Manojlovich, Joseph | 0002 | MTC-00017095
Manojlovich, Michael | 0001 | MTC-00022444
Manor, Matthew | 0001 | MTC-00016902
Manowski, Wolfgang | 0001 | MTC-00005271
Manro, William S. | 0001 | MTC-00017944
Mansager, R | 0001 | MTC-00019929
Mansell, Dan | 0001 | MTC-00030056
Mansmith, J.E. | 0001 | MTC-00031557
Manson, Bert | 0001 | MTC-00000984
Manson-Hing, Richard | 0001 | MTC-00011538
Mansour, Tim | 0001 | MTC-00013281
Mantex1@ aol.com | 0001 | MTC-00011319
Manto, Joseph V. | 0001 | MTC-00031234
Mants, KEvin | 0001 | MTC-00025032
Manuel, David | 0001 | MTC-00002428
manuelwc@ manue-associates.net | 0001 | MTC-00028168
Manyaka8@ aol.com | 0001 | MTC-00012048
Manzur, Shafqat | 0001 | MTC-00002168
Mao, Jeff | 0002 | MTC-00025571
Mara, Jerald | 0001 | MTC-00026932
Maranto, Joe | 0002 | MTC-00010901
Maranzano, Joe | 0001 | MTC-00000018
Marasco, Joe | 0002 | MTC-00025647
Marble, Richard | 0004 | MTC-00030656
Marc | 0001 | MTC-00003967
Marc | 0001 | MTC-00016424
Marc@ africagems.com | 0001 | MTC-00010353
Marca, James | 0007 | MTC-00018728
Marcella, Matthew | 0001 | MTC-00000208
MarcGil@ aol.com | 0001 | MTC-00012617
March, Bruce | 0002 | MTC-00001524
March, Chris | 0002 | MTC-00014301
Marchand, Aurelian | 0001 | MTC-00004119
Marchand, Aurelian | 0001 | MTC-00004121
Marchand, Frederic | 0001 | MTC-00010732
Marchand, Mary | 0001 | MTC-00029501
Marchesseault, Marcus | 0002 | MTC-00024006
Marcia | 0001 | MTC-00028603
Marciniak, Rick | 0001 | MTC-00026065
Marciniak, Rick | 0001 | MTC-00011599
Marckel, Chris | 0001 | MTC-00016637
Marcoline, Randy | 0001 | MTC-00009011
Marcucci, Elizabeth | 0001 | MTC-00031020
Marcucci, Jayne | 0001 | MTC-00002726
Marcucci, MJ | 0001 | MTC-00030659
Marcus Casmo | 0001 | MTC-00019717
Marcus, Charles | 0001 | MTC-00003184
Marcus, Paul | 0001 | MTC-00015166
Marcus, Vincent | 0001 | MTC-00015874
Marcuse, Steven | 0001 | MTC-00022488
Mardeanmat@ webtv.net | 0001 | MTC-00012688
Mardi | 0001 | MTC-00008838
Mardini, Caleb | 0001 | MTC-00018443
Marer, David | 0001 | MTC-00007995
Margetts, Chad | 0001 | MTC-00022282
Margione, Carmine | 0001 | MTC-00017626
MARGOFCPA@ aol.com | 0001 | MTC-00014006
Margolious, Bernard | 0001 | MTC-00007566
Margolis, Robin | 0003 | MTC-00001795
Margolis, Stewart | 0001 | MTC-00018378
Marguette, Campbell | 0001 | MTC-00025339
Margulies, Adam | 0001 | MTC-00018238
Mari, Arthur | 0001 | MTC-00026211
Mariano, Alice | 0001 | MTC-00007573
Mariano, Alicia | 0001 | MTC-00031280
Mariano, Ronald | 0001 | MTC-00029932
Maric, G. | 0001 | MTC-00012162
MArie, Anne | 0002 | MTC-00031099
Marijke, Slos | 0001 | MTC-00001916
Marilyn139@ aol.com | 0001 | MTC-00005911
Marin, Eugene | 0002 | MTC-00033601
Marinescu, Dan | 0002 | MTC-00033524
Marinez, Jose | 0002 | MTC-00017960
Marinez, Mario Sr. | 0002 | MTC-00033503
Maring, Rick | 0001 | MTC-00001405
Marino, Liz | 0001 | MTC-00031045
Marisco, Fred | 0001 | MTC-00004362
marjac@ boone.net | 0001 | MTC-00021460
Mark | 0001 | MTC-00025338
Mark | 0001 | MTC-00016946
Mark | 0001 | MTC-00024377
Mark | 0002 | MTC-00014924
Mark and Connie | 0002 | MTC-00016285
Mark, Alan | 0001 | MTC-00004838
Mark, Daniel | 0001 | MTC-00014099
Mark, J. | 0001 | MTC-00016141
Mark, Jason | 0001 | MTC-00003470
Mark, Jason | 0001 | MTC-00003471
mark-pugh@ home.com | 0001 | MTC-00021419
mark@ sisko.jcs.nasa.gov | 0001 | MTC-00023240
Markellos, Theodore and Elaine | 0001 | MTC-00013586
Marker, Dan | 0002 | MTC-00018863
Marker, Dave | 0002 | MTC-00033577
Markey, Carol | 0001 | MTC-00031121
Markfort, Paul F. | 0002 | MTC-00000734
Markham, Brad | 0006 | MTC-00026122
Markham, Brett | 0002 | MTC-00004822
Markham, Gervase | 0001 | MTC-00020396
Markham, Ronald J. | 0002 | MTC-00030443
Markham, Ronald J. | 0002 | MTC-00030463
Marking, Michael | 0003 | MTC-00027367
marklavigne@ pacificcoastline.com | 0001 | MTC-00028679
Markle, John | 0001 | MTC-00017033
Markliund, Fred | 0001 | MTC-00031078
Markow, Gregory | 0002 | MTC-00007169
markow@ execpc.com | 0001 | MTC-00017238
Markowitz, David | 0001 | MTC-00002818
Marks, Brandon | 0001 | MTC-00000935
Marks, Ed | 0001 | MTC-00002647
Marks, Kenn | 0001 | MTC-00003482
Marks, Terese | 0001 | MTC-00029395
Marks, Victor | 0001 | MTC-00016508
MarkSchulman@ Convergys.com | 0001 | MTC-00000158
Markson, James | 0001 | MTC-00016139
Markus, Christophero | 0001 | MTC-00003280
Markuszka, John | 0001 | MTC-00022516
Markwell, Joel | 0002 | MTC-00002111
Marky, Raymond | 0001 | MTC-00022328
Marler, Betty | 0001 | MTC-00027523
Marler, Jan | 0001 | MTC-00010154
Marley, Joseph | 0001 | MTC-00013154
Marley, Marlene | 0001 | MTC-00024957
Marlin, Bill | 0001 | MTC-00024349
MARLINS840@ aol.com | 0001 | MTC-00014105
Marlow, Walter | 0001 | MTC-00026741
Marmelstein, Robert E. | 0002 | MTC-00027885
Marney, Stephen | 0001 | MTC-00010835
Marola, Anthony | 0001 | MTC-00023781
Marone, Antonio and Josephin | 0001 | MTC-00001105
Marone, Greg | 0001 | MTC-00030997
Maroney, Tim | 0001 | MTC-00000622
Marowski, Wolfgang | 0001 | MTC-00011195
Marquez, Julio | 0001 | MTC-00026766
Marquez, kay | 0001 | MTC-00012696
Marquis, Mary | 0001 | MTC-00012493
Marquis, Roger | 0002 | MTC-00022890
Marquis, Roger | 0002 | MTC-00032075
Marquis, Ted | 0001 | MTC-00011107
Marquis, Ted | 0001 | MTC-00031129
Marraro, Tony | 0001 | MTC-00025600
Marrese, Mary Jo | 0001 | MTC-00007090
Marriott, Bob | 0001 | MTC-00016384
Marriott, John | 0001 | MTC-00025458
Marroquin, Otto | 0001 | MTC-00004284
Marrow, Robert | 0001 | MTC-00006141
Marrs, Dave and Cecilia | 0001 | MTC-00021780
Marschka, F. David | 0001 | MTC-00033666
Marsel, Steve | 0002 | MTC-00010645
Marsh, Buzz | 0001 | MTC-00006353
Marsh, Don | 0001 | MTC-00000076
Marsh, Felicity | 0001 | MTC-00013384
Marsh, Felicity | 0002 | MTC-00008967
Marsh, Felicity | 0001 | MTC-00026005
Marsh, Felicity | 0002 | MTC-00025999
Marsh, Jacquelyn | 0001 | MTC-00023151
Marsh, Jim | 0001 | MTC-00005082
Marsh, Richard S. | 0001 | MTC-00012357
Marsh, Shirley | 0002 | MTC-00033192
Marsh, Shirley | 0002 | MTC-00033193
Marsh, Tom | 0001 | MTC-00001098
Marshall | 0001 | MTC-00002579
Marshall, Bruce | 0002 | MTC-00031842
Marshall, Carl | 0001 | MTC-00015512
Marshall, Cheshana | 0001 | MTC-00024930
Marshall, Eric | 0001 | MTC-00024042
Marshall, John | 0001 | MTC-00000496
Marshall, Kim | 0001 | MTC-00029933
Marshall, Kim | 0001 | MTC-00029862
Marshall, Robert | 0001 | MTC-00016238
Marshall, Robert | 0001 | MTC-00014601
Marshall, Robert C. | 0001 | MTC-00001602
Marshall, Robert C. | 0001 | MTC-00010303
Marshfield, Bill | 0001 | MTC-00012133
Marsiglia, Nancy | 0001 | MTC-00031899
Marske@ ec.rr.com | 0001 | MTC-00028706
Marske@ ec.rr.com | 0001 | MTC-00028707
Marsteller, Blair | 0001 | MTC-00012103
Marston, David | 0001 | MTC-00018072
MarstonB@ aol.com | 0001 | MTC-00005217
Martak, Michael | 0002 | MTC-00011997
Martar, Thomas C. | 0001 | MTC-00030426
martee377@ aol.com | 0001 | MTC-00027307
Martello, Alan | 0002 | MTC-00002901
Martello, Allan | 0002 | MTC-00002717
Marten, John | 0001 | MTC-00032738
Martens, Jeff | 0001 | MTC-00001721
Marthinsen, Connie | 0001 | MTC-00011744
Marti, Don | 0001 | MTC-00023292
Martienssen, Carolyn | 0002 | MTC-00030113
Martienssen, Carolyn | 0002 | MTC-00030114
Martin, Al | 0001 | MTC-00004304
Martin, Amarilys | 0001 | MTC-00022145
Martin, Andrew K. | 0003 | MTC-00013358
Martin, Ben | 0001 | MTC-00029854
Martin, BIll | 0001 | MTC-00001432
Martin, Bill | 0002 | MTC-00004762
Martin, Bill | 0001 | MTC-00002492
Martin, Bill | 0001 | MTC-00004609
Martin, Bob | 0001 | MTC-00012822
Martin, Brenda | 0001 | MTC-00032822
Martin, Brian | 0001 | MTC-00015408
Martin, Bruce | 0001 | MTC-00013496
Martin, Carl | 0001 | MTC-00020616
Martin, Carolyn | 0001 | MTC-00000012
Martin, Charles | 0002 | MTC-00000540
Martin, Charles | 0002 | MTC-00025770
Martin, Charles and Barbara | 0001 | MTC-00029147
Martin, Charles J. | 0001 | MTC-00018327
Martin, Charlotte | 0002 | MTC-00023257
Martin, Charlotte/Perry, Donald | 0001 | MTC-00021728
Martin, D. K. | 0001 | MTC-00008725
Martin, Dan | 0001 | MTC-00022762
Martin, David | 0002 | MTC-00028434
Martin, Dean | 0001 | MTC-00029688
Martin, Dennis | 0001 | MTC-00032945
Martin, Derek | 0001 | MTC-00015955
Martin, Douglas | 0001 | MTC-00012303
Martin, Frank | 0001 | MTC-00010162
Martin, Frank J. | 0001 | MTC-00010156
Martin, Gary and Mary | 0001 | MTC-00013275
Martin, Gary and Mary | 0001 | MTC-00009469
Martin, Gene | 0001 | MTC-00032468
Martin, Gene Mr & Mrs | 0001 | MTC-00009795
Martin, Gilbert | 0001 | MTC-00023214
Martin, Gordon | 0001 | MTC-00011647
Martin, Greg | 0004 | MTC-00018396
Martin, Guy | 0001 | MTC-00030722
Martin, Harvey | 0001 | MTC-00021166
Martin, Jay | 0001 | MTC-00021898
Martin, Jean | 0001 | MTC-00013226
Martin, Jean | 0001 | MTC-00023320
Martin, Jean | 0001 | MTC-00010563
Martin, Jerry | 0002 | MTC-00009107
Martin, Jerry | 0001 | MTC-00030857
Martin, Jerry M. | 0001 | MTC-00006414
Martin, Jim | 0001 | MTC-00017872
Martin, Joe | 0003 | MTC-00027578
Martin, Joel | 0003 | MTC-00016255
Martin, John | 0001 | MTC-00017962
Martin, John | 0001 | MTC-00029611
Martin, Jorge | 0001 | MTC-00025102
Martin, Jose & Patricia | 0001 | MTC-00031105
Martin, Karen | 0001 | MTC-00029373
Martin, Karl | 0001 | MTC-00001614
Martin, Kevin | 0001 | MTC-00018788
Martin, Larry | 0001 | MTC-00023304
Martin, Linda | 0001 | MTC-00023162
Martin, Mark | 0004 | MTC-00010575
Martin, Mark | 0001 | MTC-00016743
Martin, Michael | 0001 | MTC-00027854
Martin, Paul | 0001 | MTC-00000713
Martin, Phil | 0001 | MTC-00033164
Martin, Richard | 0002 | MTC-00033486
Martin, Richard | 0002 | MTC-00028508
Martin, Robert | 0002 | MTC-00032919
Martin, Robert | 0001 | MTC-00017713
Martin, Rod | 0001 | MTC-00024638
Martin, Roland | 0001 | MTC-00027029
Martin, Ron | 0001 | MTC-00004097
Martin, Sam | 0001 | MTC-00002286
Martin, Simon | 0001 | MTC-00013289
Martin, Stacy | 0001 | MTC-00007492
Martin, Stephen | 0001 | MTC-00023287
Martin, Tiffany | 0001 | MTC-00013713
Martin, Todd | 0001 | MTC-00016516
Martin, William | 0002 | MTC-00000847
Martinez, Alexander | 0001 | MTC-00009944
Martinez, Christopher | 0001 | MTC-00013847
Martinez, Damian | 0001 | MTC-00018564
Martinez, Douglas | 0002 | MTC-00020227
Martinez, Elaine | 0001 | MTC-00025687
Martinez, Mario | 0001 | MTC-00022122
Martinez, Retama, Arturo | 0001 | MTC-00000871
Martinez, Stephen | 0001 | MTC-00029853
Martinez, Tino | 0001 | MTC-00022753
Martini, Peter | 0001 | MTC-00020454
Martins, Ilidio | 0001 | MTC-00003115
Martinson, Bernt | 0001 | MTC-00012327
Martinusen, Norman | 0001 | MTC-00008428
Martiz, Nicholas | 0001 | MTC-00032067
Martucci, Paul | 0001 | MTC-00023403
Marty, Jeffrey | 0002 | MTC-00033642
Marvan, Anthony F. | 0001 | MTC-00008890
Marvel, Michael | 0001 | MTC-00015281
Marvelle, Peggy | 0001 | MTC-00007349
Marvin, Richard | 0001 | MTC-00003553
Marvin, William | 0001 | MTC-00005705
Marvin@ Parsons.net | 0001 | MTC-00021967
Marx, Gordon | 0001 | MTC-00018635
Marx, H. F. | 0001 | MTC-00005256
Marx, Jamie | 0001 | MTC-00019933
Marx, Jocko | 0001 | MTC-00014197
Marx, Ken | 0001 | MTC-00014331
Marx, Steven | 0001 | MTC-00024721
Mary, Carole | 0001 | MTC-00032889
Mary-Paul-Stewart@ berley.com | 0002 | MTC-00028901
Maryasara | 0001 | MTC-00008086
Maryott, William | 0001 | MTC-00026377
Marzian, Al | 0001 | MTC-00003740
Marzolf, Ross | 0001 | MTC-00032542
Marzolf, Todd | 0001 | MTC-00017803
Masai, Dean | 0001 | MTC-00001678
Mascaro, Steven | 0001 | MTC-00021933
Maschas, Theo | 0001 | MTC-00001203
Masciovecchio, Philip | 0001 | MTC-00006194
Mash@ arizonaeha.org | 0001 | MTC-00002676
Masi, L. Scott | 0001 | MTC-00005622
Masinick, Brian W. | 0001 | MTC-00003004
Masino, Mike | 0001 | MTC-00015054
Maslar, Eugene | 0001 | MTC-00029225
Masnik, Debra | 0001 | MTC-00006303
Mason | 0001 | MTC-00018236
Mason, Brian | 0001 | MTC-00015646
Mason, Charles | 0001 | MTC-00021466
Mason, Chuck | 0001 | MTC-00014974
Mason, David A. | 0001 | MTC-00019592
Mason, Derek | 0002 | MTC-00010608
Mason, Derek | 0002 | MTC-00009809
Mason, Doug | 0001 | MTC-00019500
Mason, Douglas J. | 0001 | MTC-00026483
Mason, George | 0002 | MTC-00033078
Mason, George | 0001 | MTC-00013600
Mason, Gerald | 0001 | MTC-00031499
Mason, Jane | 0001 | MTC-00008520
Mason, Joe | 0001 | MTC-00000188
Mason, Pick | 0001 | MTC-00016506
Mason, Richard | 0001 | MTC-00002378
Mason, Robert | 0001 | MTC-00007267
Mason, Scott | 0001 | MTC-00031816
Mason, Todd | 0002 | MTC-00018230
Mason, William | 0002 | MTC-00033207
Masoud, Hashen | 0001 | MTC-00020202
Masquith, Michael J. | 0002 | MTC-00009352
Masry, Ally | 0001 | MTC-00031782
Massarene, Kari | 0001 | MTC-00018156
Massengill, James | 0001 | MTC-00020559
Massengill, Johnny | 0001 | MTC-00018178
Massey, David | 0001 | MTC-00000080
Massey, Jim | 0001 | MTC-00000755
Massey, Marietta; Massey, David | 0002 | MTC-00000229
Massey, Shane | 0001 | MTC-00020627
Mast, Lawrence, E. | 0001 | MTC-00012020
Masteller, Patricia E. | 0002 | MTC-00030492
Master, Scald | 0001 | MTC-00009559
Masterfield, Nicole | 0001 | MTC-00027134
Masterman, Beth | 0001 | MTC-00029829
Masters, Joe | 0001 | MTC-00007797
Masterson, Gary | 0001 | MTC-00007952
Masterson, Joni | 0001 | MTC-00033032
Masterson, Taun | 0001 | MTC-00013456
Masterson, William | 0002 | MTC-00033006
Mastran, Henry | 0001 | MTC-00029282
Mastren, Peter | 0002 | MTC-00016821
Mastriano, Donald | 0001 | MTC-00001533
Matarnese, Mark | 0001 | MTC-00022565
Mataya, Mare | 0001 | MTC-00031636
Matchette, Lisa | 0001 | MTC-00006837
matchx70@ hhotmail.com | 0001 | MTC-00033549
matchx@ hhotmail.com | 0001 | MTC-00027470
matduck39@ hotmail.com | 0001 | MTC-00021427
Mate, Attila | 0002 | MTC-00017794
Mateau, Benjamin | 0001 | MTC-00009693
Mateer, Joanne | 0001 | MTC-00022936
Mateja, Rob Ann | 0001 | MTC-00014784
Mateja, RobAnn | 0001 | MTC-00004834
Matern, H.R. | 0001 | MTC-00023865
Matern, Wilhelmina | 0001 | MTC-00027824
Mather, T.J. | 0001 | MTC-00028161
Matherson, Douglas | 0001 | MTC-00009680
Mathes, Teri | 0002 | MTC-00030156
Matheson, Branson | 0001 | MTC-00015879
Matheson, Lynette | 0001 | MTC-00026541
Matheson, Lynette | 0001 | MTC-00010243
Mathew, Jay | 0001 | MTC-00008671
Mathews, Jack | 0002 | MTC-00018816
Mathews, Jeffrey | 0001 | MTC-00012326
Mathews, Stuart | 0001 | MTC-00003213
Mathias, Glen | 0001 | MTC-00012504
Mathieu, Armand | 0001 | MTC-00018753
Mathis, Charles | 0002 | MTC-00005404
Mathis, Paul | 0001 | MTC-00020971
Mathisen, Raymond A. | 0001 | MTC-00025432
Mathisen, Stephanie | 0003 | MTC-00027907
Mathison, Jeffery C. | 0001 | MTC-00023665
Mathison, Leslie | 0001 | MTC-00024647
Mathur, Ashok N. | 0001 | MTC-00011560
Matias, J. Nathan | 0002 | MTC-00015740
Matis, Mark | 0001 | MTC-00012890
Matisi, Jim | 0001 | MTC-00021135
Matisi, Jim | 0003 | MTC-00021182
Matle, Michel | 0001 | MTC-00002991
Matos, Robert | 0002 | MTC-00002331
Matson, Donald E. | 0001 | MTC-00026658
Matson, Franklin D. | 0001 | MTC-00010509
Matson, Kirsten | 0002 | MTC-00008309
Matson, Kristen | 0002 | MTC-00012117
Matson, Marv | 0001 | MTC-00008332
Matson, Marvin L. | 0001 | MTC-00022566
Matsumura, Miko | 0001 | MTC-00000136
Matsumura, Yosuke | 0002 | MTC-00023527
Matt | 0001 | MTC-00018122
Matt | 0001 | MTC-00002966
Matt Langford | 0001 | MTC-00019725
Matt-MKS@ pobox.com | 0001 | MTC-00014872
matt.gilbert@ pearsoned.com | 0001 | MTC-00024751
Matte, Jeanette | 0001 | MTC-00024399
Mattern, Mary | 0001 | MTC-00032027
Mattero, Jeffrey A. | 0001 | MTC-00011350
Mattheis, Paul | 0001 | MTC-00003876
Matthew | 0001 | MTC-00026945
Matthews, Doug | 0001 | MTC-00019281
Matthews, Duane | 0001 | MTC-00027946
Matthews, Gary | 0001 | MTC-00017432
Matthews, John W. | 0002 | MTC-00030811
Matthews, Kendrick | 0002 | MTC-00032175
Matthews, Matt | 0002 | MTC-00026271
Matthews, Rebecca | 0001 | MTC-00004770
Matthews, Robert L. | 0001 | MTC-00010013
Matthews, Ronald | 0001 | MTC-00012041
Matthews, Ronald | 0001 | MTC-00005111
Matthews, Ronald | 0001 | MTC-00019310
Matthews, Shawn E. | 0001 | MTC-00004509
Matthews, William H. | 0001 | MTC-00020488
Matthias, Dennis | 0001 | MTC-00010490
Matthies, Suzanne | 0001 | MTC-00014838
Matthiesen, Bill | 0001 | MTC-00023330
Mattice, Charles | 0001 | MTC-00020899
Matties, Ernest | 0001 | MTC-00011138
Mattingly, Owen | 0002 | MTC-00033596
Mattingly, William | 0001 | MTC-00009383
Mattix, G. Robert | 0001 | MTC-00016111
Mattox, Ardy | 0001 | MTC-00021447
Mattox, Linda | 0001 | MTC-00008914
Mattox, Robert | 0002 | MTC-00033001
Mattson, Phil | 0001 | MTC-00029730
Matulich, Dan | 0001 | MTC-00025481
MAtus, Ed | 0002 | MTC-00022228
Matuszewski, Pete | 0001 | MTC-00026166
Matysiewicz, Ed | 0001 | MTC-00004084
Matz, Barbara | 0001 | MTC-00020689
Matzke Household | 0001 | MTC-00002161
Maughan, Mark | 0001 | MTC-00010039
Maultsby, Peggy and Ken | 0001 | MTC-00027120
Maunsell, Brad and Peggy | 0001 | MTC-00031509
Maupin, Bob | 0001 | MTC-00030448
Maupin, Nancy | 0001 | MTC-00030895
Maurer, Al | 0001 | MTC-00003616
Mausenhelden, Gwen | 0001 | MTC-00001079
Mautner, Bev | 0001 | MTC-00011253
mav802@ aol.com | 0001 | MTC-00028194
Maviue, Francis; Peterson, George; Jones, Bradley; Rogeuss, Mary | 0002 | MTC-00032077
maweber@ execpc.com | 0001 | MTC-00028641
Mawley, Chris | 0001 | MTC-00022310
Max | 0001 | MTC-00024734
Maxey, Glenn | 0005 | MTC-00004222
Maxey, Rex | 0001 | MTC-00011842
Maxfield, Wade | 0002 | MTC-00022076
maxrice@ charter.net | 0001 | MTC-00028607
Maxwell, David | 0001 | MTC-00001413
Maxwell, Duane | 0001 | MTC-00020302
MAxwell, Freddie | 0001 | MTC-00030327
Maxwell, George | 0001 | MTC-00023426
Maxwell, John | 0001 | MTC-00020508
Maxwell, John | 0001 | MTC-00004554
Maxwell, Kristen | 0001 | MTC-00016310
Maxwell, Mark | 0001 | MTC-00015387
Maxwell, Nancy | 0001 | MTC-00013864
Maxwell, Robert | 0002 | MTC-00033276
Maxwell, Scott | 0002 | MTC-00031940
Maxwell, Scott | 0002 | MTC-00020127
Maxwell, Seann | 0001 | MTC-00029062
May, Amanda | 0001 | MTC-00029574
May, Charlie | 0001 | MTC-00007903
May, Cindy | 0001 | MTC-00024405
May, Corey | 0001 | MTC-00018244
May, David | 0001 | MTC-00003477
May, David | 0001 | MTC-00015640
May, Michael | 0001 | MTC-00028888
May, Mike | 0002 | MTC-00025985
May, Nancye | 0001 | MTC-00020859
May, Patrick | 0001 | MTC-00003813
May, Tim | 0001 | MTC-00022988
Maybaum, Frank | 0001 | MTC-00013665
Mayer, Art | 0001 | MTC-00010517
Mayer, Cathy | 0001 | MTC-00012630
Mayer, Dan | 0001 | MTC-00026073
Mayer, Jonathan | 0002 | MTC-00018318
Mayer, Mike | 0001 | MTC-00006538
Mayer, Nancy Z. | 0001 | MTC-00012339
Mayers, George | 0001 | MTC-00008400
Mayers, Josh | 0001 | MTC-00019943
Mayes-Petty, Betty | 0002 | MTC-00032354
Mayfield, Daniel | 0001 | MTC-00016446
Mayfield, Joe E. | 0001 | MTC-00005905
Mayhall, Chris | 0002 | MTC-00024467
Mayhall, Chris | 0001 | MTC-00008117
Mayhall, Douglas | 0001 | MTC-00012962
Mayher, Frank | 0001 | MTC-00021213
Mayhue, R. G. | 0001 | MTC-00003575
Maynard, Carol | 0001 | MTC-00013243
Maynard, Chris | 0001 | MTC-00028937
Maynard, Garth | 0001 | MTC-00020587
Maynard, Jay | 0001 | MTC-00019253
Maynard, Robert | 0001 | MTC-00013041
Maynard, Ted | 0001 | MTC-00019945
Maynard, Tim | 0001 | MTC-00019247
Mayne, Douglas | 0002 | MTC-00008302
Maynor, George | 0001 | MTC-00011166
Mayoff, Rob | 0001 | MTC-00023282
Mays, Howard | 0001 | MTC-00008774
Mays, James | 0001 | MTC-00023405
Mays, Ken | 0001 | MTC-00005384
Mayse, Franklin | 0001 | MTC-00033013
Mayson, Steven Lewis | 0002 | MTC-00016043
Mayson, Wendall | 0001 | MTC-00007689
Maytag, D. J. | 0007 | MTC-00028027
Maytin, Jane R. | 0001 | MTC-00030302
Mayzel, Vlad | 0001 | MTC-00007827
Mazlish, Edward | 0001 | MTC-00023506
Mazner, Jeremy | 0002 | MTC-00027565
Mazza, Karen | 0001 | MTC-00010527
Mazzella, D.A. | 0002 | MTC-00016943
Mazzoni, Dominic | 0001 | MTC-00000302
Mbanks@ sport.rr.com | 0001 | MTC-00028155
mbrell | 0001 | MTC-00021393
MBVath@ aol.com | 0002 | MTC-00014273
Mc Greedy, John | 0002 | MTC-00020186
Mc Hale, James | 0001 | MTC-00006290
Mc Lauchlin, John | 0001 | MTC-00006502
Mc Lennon, George | 0001 | MTC-00005896
McAdam, Sean | 0002 | MTC-00016953
McAdams, Rich | 0001 | MTC-00031263
McAllister, Barry | 0001 | MTC-00001212
McAllister, Kristin | 0001 | MTC-00021536
McAlmont, Adam C. | 0001 | MTC-00013314
McAmis, Ron | 0001 | MTC-00005677
McAndrew, Mary | 0001 | MTC-00031364
McArdle, Kelly | 0001 | MTC-00015231
McArhtur, LLoyd | 0001 | MTC-00022101
McArn, John H. | 0001 | MTC-00002533
McArtor, Robert | 0001 | MTC-00029139
McAtee, Mike | 0001 | MTC-00005198
McAuliffe, Janet | 0001 | MTC-00027183
McAvery, Patrick | 0001 | MTC-00003494
McBarnett III, Roe D. | 0001 | MTC-00018600
McBeath, Jim | 0001 | MTC-00018154
McBlain, Neil | 0001 | MTC-00002440
McBrayer, Thomas E. | 0001 | MTC-00012686
McBride, Aaron | 0001 | MTC-00016219
McBride, Aaron | 0001 | MTC-00000735
McBride, H.D. | 0001 | MTC-00007743
Mcbride, Jed | 0001 | MTC-00019618
McBride, John | 0001 | MTC-00000528
McBride, John | 0003 | MTC-00004731
McBride, John | 0001 | MTC-00000527
McBride, Mary | 0001 | MTC-00031922
McBurnett, Neal | 0002 | MTC-00002006
McCabe, Arthur J. | 0001 | MTC-00030790
McCabe, David | 0001 | MTC-00003515
McCabe, Derek | 0001 | MTC-00004125
McCabe, Eleanor | 0001 | MTC-00009276
McCabe, Geoffrey | 0004 | MTC-00002026
McCabe, Geoffrey | 0004 | MTC-00001733
McCabe, Matt | 0001 | MTC-00002387
McCabe, Maurice | 0001 | MTC-00003021
McCabe, Patrick | 0001 | MTC-00027616
McCafferty, Marty | 0002 | MTC-00008084
McCafferty, Michael | 0001 | MTC-00016234
McCahey, Bill | 0001 | MTC-00031132
McCain, John | 0001 | MTC-00016691
McCain, Robin | 0002 | MTC-00009044
McCall, Keith | 0002 | MTC-00018694
McCall, Kenneth | 0001 | MTC-00023643
McCall, Madison and Dorothy | 0001 | MTC-00007850
McCalley, Karl | 0002 | MTC-00030908
McCallion, Joseph | 0001 | MTC-00008368
McCallum, C. Michael | 0001 | MTC-00018325
McCallum, Malcom | 0001 | MTC-00002207
McCamey, Marc | 0001 | MTC-00025636
McCandless, Richard | 0001 | MTC-00020767
McCann, Eric | 0002 | MTC-00033806
McCann, Joe | 0001 | MTC-00018053
McCann, Les | 0001 | MTC-00003519
McCant-Dickey, LaDonna | 0001 | MTC-00026282
McCarter, Bonnie | 0001 | MTC-00019903
McCarthy | 0001 | MTC-00025857
McCarthy, Brendan | 0001 | MTC-00018065
McCarthy, Campbell | 0001 | MTC-00008527
McCarthy, David | 0001 | MTC-00033842
McCarthy, George W. | 0001 | MTC-00026523
McCarthy, John | 0001 | MTC-00015262
McCarthy, Kathleen | 0001 | MTC-00008331
McCarthy, Orlene | 0001 | MTC-00008960
McCarthy, Orlene | 0001 | MTC-00014068
McCarthy, Ryan | 0001 | MTC-00000698
McCarthy, Shawn | 0001 | MTC-00018569
McCarthy, Tim | 0001 | MTC-00007608
McCarthy, William | 0001 | MTC-00028669
McCartney, Dan | 0001 | MTC-00014865
McCartney, James R. | 0001 | MTC-00027841
McCartney, Thomas | 0002 | MTC-00033452
McCarty, Donald | 0001 | MTC-00023328
McCarty, Fred B. | 0001 | MTC-00007807
McCarty, Jeff | 0001 | MTC-00022471
McCarty, M.L. | 0001 | MTC-00006361
McCarty, Michael | 0001 | MTC-00004872
McCarty, Scott | 0003 | MTC-00027586
McCasland, Kristopher | 0001 | MTC-00032780
McCaslin, Chad | 0002 | MTC-00011106
McCaughey, Ray | 0001 | MTC-00017655
McCauley, Bill | 0001 | MTC-00010189
McCauley, Jeri-Ann | 0001 | MTC-00027033
McCauley, John | 0001 | MTC-00008008
McCauley, M.L. | 0001 | MTC-00021548
McCauley, Robert | 0001 | MTC-00031260
McCay, Joseph | 0001 | MTC-00004682
McChesney, James | 0001 | MTC-00005446
McClain, gerald | 0001 | MTC-00027691
McClain, John | 0001 | MTC-00013690
McClain, Larry | 0001 | MTC-00003554
McClain, Patricia | 0001 | MTC-00007317
McClain, Vonda | 0001 | MTC-00012952
McClain-Furmanski, Dennis | 0001 | MTC-00000098
McClamma, Marty | 0001 | MTC-00011261
McClanahan, Edward | 0001 | MTC-00026337
McClannan, Edwin | 0001 | MTC-00005591
McClarnon, Harold | 0001 | MTC-00011342
McClarren, Judy | 0001 | MTC-00024857
McClarty, Don | 0001 | MTC-00001038
McClaughry | 0001 | MTC-00009286
McClellan, Erin | 0001 | MTC-00017274
McClellan, Stan | 0001 | MTC-00001160
McClelland, Mike | 0001 | MTC-00018108
McClenning, Gerald | 0001 | MTC-00021885
McClintock, Dave | 0002 | MTC-00005380
McClintock, Matthew | 0001 | MTC-00015255
McCloskey, David | 0002 | MTC-00019386
McCloskey, Kevin | 0001 | MTC-00003769
McCloskey, Patrick | 0001 | MTC-00013058
McCloskey, Patrick | 0001 | MTC-00004721
McCloskey, Patrick | 0001 | MTC-00014208
McClosky, Patrick | 0001 | MTC-00013052
McCloud, Bob | 0001 | MTC-00023286
McClure, Anne N. | 0001 | MTC-00012343
McClure, Carol | 0001 | MTC-00025333
McClure, Craig | 0001 | MTC-00006335
McClure, George | 0002 | MTC-00031081
McClure, George | 0001 | MTC-00010584
McClure, Kathie L. | 0001 | MTC-00012073
McClure, Oren | 0001 | MTC-00021469
McClure, Roy | 0001 | MTC-00025984
McClure, Scott | 0001 | MTC-00022072
McClusky, Lucy | 0002 | MTC-00026730
McColeman, Barry | 0001 | MTC-00007438
McCollam, Ronald | 0001 | MTC-00015335
McColloch, Larry | 0001 | MTC-00000246
Mccollum, Larry | 0001 | MTC-00012448
McCollum, Liz | 0001 | MTC-00011401
McCollum, Liz | 0001 | MTC-00021045
McCombie, Patrick J. | 0001 | MTC-00005989
McCombs, Peter | 0001 | MTC-00019143
McConaghy, Sherri | 0001 | MTC-00016244
McConnell, Alan | 0001 | MTC-00020907
McConnell, Bob | 0001 | MTC-00005555
McConnell, Brian | 0001 | MTC-00011658
McConnell, Michael | 0001 | MTC-00022476
McConnell, Mike | 0001 | MTC-00002771
McConnell, Paul | 0001 | MTC-00006554
McConnell, Robert | 0003 | MTC-00028729
McConnell, Robert | 0003 | MTC-00028691
McConnell, Walter J. | 0001 | MTC-00018766
McCook, Adair | 0002 | MTC-00030882
McCool, Scott | 0002 | MTC-00022711
McCord, Bob | 0001 | MTC-00013710
MCCord, John H. | 0001 | MTC-00023664
McCord, Zachary | 0001 | MTC-00023758
McCorkle, Jack | 0002 | MTC-00033069
McCorkle, Nina | 0001 | MTC-00032909
McCorkle, Sandra | 0001 | MTC-00023960
McCormack, James | 0002 | MTC-00009740
McCormack, Richard | 0001 | MTC-00032670
McCormick, Bob | 0001 | MTC-00001903
McCormick, Connie | 0001 | MTC-00023127
McCormick, Drew | 0001 | MTC-00002238
McCormick, Kegin | 0001 | MTC-00009877
McCormick, Kevin | 0001 | MTC-00023779
McCormick, Scott | 0001 | MTC-00017120
McCourdy, Mike | 0001 | MTC-00030445
McCown, Andrew | 0001 | MTC-00016457
McCoy, Bernard | 0001 | MTC-00032791
McCoy, Betty | 0001 | MTC-00032656
McCoy, James | 0001 | MTC-00028915
McCoy, Jimmy | 0001 | MTC-00028840
McCoy, John | 0001 | MTC-00021243
McCoy, Kate | 0001 | MTC-00014172
McCoy, Kevin | 0001 | MTC-00028762
McCoy, Ray | 0001 | MTC-00005880
McCoy, Robin | 0001 | MTC-00026278
McCoy, Terry | 0001 | MTC-00003271
mccpb@ bellsouth.com | 0001 | MTC-00028135
McCrady, Matthew | 0001 | MTC-00013870
McCraw, Chris | 0001 | MTC-00017835
McCready, Bruce | 0001 | MTC-00016189
McCreary, Alex | 0002 | MTC-00003423
McCreary, Arnold | 0001 | MTC-00002120
McCreevy, Scott | 0001 | MTC-00009006
McCrocklin, Stephen | 0001 | MTC-00002256
McCroskey, Robert | 0001 | MTC-00026237
McCroskey, William | 0002 | MTC-00003561
McCrosson, Joseph | 0001 | MTC-00011678
McCrum, David | 0001 | MTC-00002637
McCue | 0001 | MTC-00027145
McCue, Dave | 0001 | MTC-00000419
McCue, Dave | 0001 | MTC-00032249
McCullen, George | 0001 | MTC-00004504
McCulley, Lucille M. | 0001 | MTC-00030148
McCulley, Lucille M. | 0002 | MTC-00030627
McCulloch, John | 0001 | MTC-00023540
McCulloch, Peter | 0001 | MTC-00033633
McCullough, Brendan | 0001 | MTC-00027074
McCullough, Kelly | 0003 | MTC-00010904
McCullough, Robb | 0001 | MTC-00007698
McCullough, Sean M. | 0001 | MTC-00014940
McCullough, Wayne | 0001 | MTC-00015732
McCune, Cynthia A. | 0001 | MTC-00028381
McCune, Mike | 0001 | MTC-00009126
McCurdy, Cynthia | 0001 | MTC-00025712
McCure, Sean | 0001 | MTC-00014999
McCurley, Marsha | 0001 | MTC-00001261
McCusker, Jim | 0001 | MTC-00015762
McCutchen, Joe and Barbara | 0001 | MTC-00026777
McCutcheon, John | 0001 | MTC-00016482
McDaniel, Devon | 0001 | MTC-00018731
McDaniel, Gary | 0001 | MTC-00018997
McDaniel, Harvey | 0001 | MTC-00000818
McDaniel, Harvey | 0001 | MTC-00003661
McDaniel, Jack | 0001 | MTC-00005526
McDaniel, Joy | 0001 | MTC-00022715
McDaniel, Kevin | 0001 | MTC-00008260
McDaniel, Kevin | 0002 | MTC-00027932
McDaniel, Leon | 0001 | MTC-00022006
McDaniel, Mike | 0001 | MTC-00005852
McDaniel, Stephen | 0001 | MTC-00029067
McDermed, Lyle | 0001 | MTC-00000592
McDermed, Lyle | 0001 | MTC-00008073
McDermott, Bob | 0002 | MTC-00006324
McDermott, Bob | 0002 | MTC-00010159
McDermott, Bob | 0002 | MTC-00012091
McDermott, Bob | 0002 | MTC-00014400
McDermott, John | 0001 | MTC-00019483
McDermott, William | 0001 | MTC-00023595
McDermott-Wells, Pat | 0003 | MTC-00025167
McDermott-Wells, Patricia | 0002 | MTC-00030406
McDevitt, Brian | 0001 | MTC-00009100
mcdevo3@ aol.com | 0001 | MTC-00033811
McDiffett, Bruce | 0002 | MTC-00028678
McDole, John V. | 0001 | MTC-00006445
McDonald, Brett | 0001 | MTC-00008864
McDonald, Carol | 0001 | MTC-00011339
McDonald, Charles | 0001 | MTC-00007313
McDonald, D. | 0001 | MTC-00014431
McDonald, David | 0001 | MTC-00025401
McDonald, Debra | 0001 | MTC-00028973
McDonald, Dennis | 0001 | MTC-00012660
McDonald, Frank | 0001 | MTC-00006869
McDonald, Henry | 0001 | MTC-00006971
McDonald, Henry | 0001 | MTC-00005331
McDonald, Jim | 0002 | MTC-00011371
McDonald, Jim | 0001 | MTC-00016441
McDonald, John | 0001 | MTC-00024538
McDonald, John | 0001 | MTC-00009919
McDonald, John | 0001 | MTC-00013997
McDonald, Kenneth | 0001 | MTC-00019005
McDonald, Kyle | 0001 | MTC-00019595
McDonald, Louis | 0001 | MTC-00024342
McDonald, Louis F. | 0001 | MTC-00012100
McDonald, Louis R. | 0001 | MTC-00007339
McDonald, Patrick | 0001 | MTC-00023207
McDonald, Patrick | 0001 | MTC-00001553
McDonald, Patrick | 0001 | MTC-00004424
McDonald, Patrick | 0001 | MTC-00015815
McDonald, Peter | 0002 | MTC-00027947
McDonald, Richard | 0001 | MTC-00001571
McDonald, Stan | 0001 | MTC-00023720
McDonald, Steven | 0001 | MTC-00018355
McDonald, Steven | 0001 | MTC-00023450
McDonald, T. J. | 0001 | MTC-00012782
McDonough, Sandy | 0001 | MTC-00020507
McDonough, William | 0001 | MTC-00030784
McDougal, Daren D. | 0001 | MTC-00000348
McDougall, Daniel | 0001 | MTC-00015015
McDowell, Anthony | 0003 | MTC-00015455
McDowell, L esley D. | 0001 | MTC-00026036
McDuffie, J. Bryan | 0001 | MTC-00032826
McEachern, Marc | 0001 | MTC-00029440
McEachern, Wiliam and Florence | 0001 | MTC-00022326
McEhaney, Thomas | 0001 | MTC-00027670
McElroy, Andrew | 0001 | MTC-00032547
McElroy, Kevin | 0001 | MTC-00012260
McElroy, Thomas | 0001 | MTC-00018488
McElwee, Gary | 0001 | MTC-00022089
McEnaney, Casey | 0001 | MTC-00014991
McEnery, Paul J. | 0001 | MTC-00014218
Mcenter, Mike | 0001 | MTC-00030775
McEntire, Christina | 0002 | MTC-00032282
McFadden, Brian | 0001 | MTC-00016624
McFadden, Ken | 0001 | MTC-00010856
McFadden, Kevin | 0002 | MTC-00018249
McFadden, Ted | 0001 | MTC-00004730
McFarland, Alison | 0001 | MTC-00014269
McFarland, Bruce | 0001 | MTC-00017478
McFarland, Mark | 0002 | MTC-00014256
McFarling, Bruce | 0002 | MTC-00003398
McGarry, Gayle | 0001 | MTC-00026096
McGarvey, Kenneth | 0001 | MTC-00008818
McGee, Dale | 0001 | MTC-00012391
McGee, Dale | 0001 | MTC-00022514
McGee, Donald | 0001 | MTC-00012280
McGee, John | 0002 | MTC-00033297
McGee, Marjorie | 0002 | MTC-00033294
McGee, Mark | 0001 | MTC-00027861
McGee, Steve | 0001 | MTC-00027718
McGee, Travis | 0001 | MTC-00004299
McGee, Travis | 0001 | MTC-00013309
McGergor, Duncan P | 0001 | MTC-00030825
McGhie, Rosalie | 0001 | MTC-00009675
McGibney, John | 0001 | MTC-00002663
McGill, Christine C. | 0001 | MTC-00014748
McGill, Michael P. | 0001 | MTC-00015343
McGill, Tim | 0001 | MTC-00024025
McGinley, Arthur | 0001 | MTC-00009488
McGinley, Dave | 0001 | MTC-00028494
McGinnis, Timothy | 0003 | MTC-00027652
McGlaughlin, Jeffrey A. | 0001 | MTC-00024218
McGlenn, Lynn and John | 0001 | MTC-00032659
McGlothlen, Ken | 0002 | MTC-00004154
McGloun-King, Jamie | 0002 | MTC-00000069
McGonagle, Michael | 0001 | MTC-00019898
McGonigle, Bill | 0001 | MTC-00021783
McGooley, Scott | 0001 | MTC-00019639
McGough, Eric | 0001 | MTC-00019098
McGovern, Amy | 0002 | MTC-00003752
McGovern, Patrick | 0001 | MTC-00003478
McGowan, Jay D. | 0001 | MTC-00002984
McGowen, Brian | 0001 | MTC-00002351
McGowen, Brian | 0001 | MTC-00002357
MCGPatty@ cs.com | 0001 | MTC-00017232
mcgranew@ krouse. com | 0001 | MTC-00017251
McGrath, Brian | 0001 | MTC-00014184
McGrath, Charles | 0002 | MTC-00005765
McGrath, James A. | 0001 | MTC-00011814
McGrath, James E. | 0001 | MTC-00024092
McGrath, Jim | 0001 | MTC-00006532
McGrath, Tom | 0001 | MTC-00025707
McGraw, Bill | 0001 | MTC-00000005
McGraw, Chris | 0001 | MTC-00023703
McGraw, Harold | 0001 | MTC-00033027
McGraw, Lisa | 0001 | MTC-00019671
McGraw, Matthew | 0001 | MTC-00001854
McGraw, Patrick | 0001 | MTC-00002355
McGraw, Patrick | 0001 | MTC-00024619
McGraw, Robert | 0001 | MTC-00017778
McGraw, Robert | 0001 | MTC-00017782
McGreal, Martin P. | 0001 | MTC-00028332
McGregor | 0001 | MTC-00005679
McGregor, Duncan | 0001 | MTC-00012531
McGregor, Duncan | 0001 | MTC-00008651
McGregor, Hazel | 0001 | MTC-00021540
McGregor, Richard | 0001 | MTC-00005590
McGrew, Chris | 0001 | MTC-00000022
McGrew, Chris | 0001 | MTC-00024629
McGrew, Clark | 0001 | MTC-00017603
McGrew, Sean and Charlene | 0001 | MTC-00026889
McGuigan, Jane | 0001 | MTC-00011579
McGuinness, Greg | 0001 | MTC-00007033
McGuire, Bryant P. | 0001 | MTC-00021093
McGuire, Eileen R. | 0001 | MTC-00006937
McGuire, Jon | 0001 | MTC-00020493
McGuire, Thomas P. | 0001 | MTC-00025776
MCGurk, William | 0001 | MTC-00033575
McGurl, Dan | 0002 | MTC-00030291
McGurrin, Jim | 0001 | MTC-00011283
McHale, Michael | 0001 | MTC-00022681
McHargue, Patrick L. | 0001 | MTC-00020344
McHenry, Michael | 0001 | MTC-00017370
McHenry, Patrick | 0001 | MTC-00033731
McHugh, Aaron | 0001 | MTC-00028289
McHugh, Brian | 0001 | MTC-00004486
McHugh, Harry | 0002 | MTC-00013913
McHugh, Joseph | 0001 | MTC-00008859
McHugh, Patrick E. | 0001 | MTC-00001396
McHugh, Philip | 0002 | MTC-00033190
McHugh, Regg | 0001 | MTC-00020403
McIlveen, Bill | 0001 | MTC-00012107
McIlwain, Vikki | 0001 | MTC-00007305
McInerny, Ray | 0001 | MTC-00023148
McIntosh, Clint | 0001 | MTC-00020883
McIntosh, Craig, B. | 0001 | MTC-00013131
McIntosh, Duncan | 0001 | MTC-00003132
McIntosh, John | 0001 | MTC-00008265
McIntosh, Marsha | 0001 | MTC-00011857
McIntosh, Richard | 0001 | MTC-00009173
McIntosh, Rick C. | 0001 | MTC-00002869
McIntosh, Tom | 0001 | MTC-00013166
McIntyre, Arthur | 0001 | MTC-00009820
McIntyre, Forrest | 0001 | MTC-00012456
McIntyre, John | 0001 | MTC-00030044
McIntyre, Michael | 0001 | MTC-00013782
McKamey, Jonathan | 0001 | MTC-00021827
McKay, Brent | 0002 | MTC-00033626
McKay, Bryan | 0001 | MTC-00022016
McKay, Cedar | 0001 | MTC-00019094
McKay, Dave | 0001 | MTC-00008421
McKay, Gordon C. | 0001 | MTC-00025534
McKay, Helen | 0001 | MTC-00026342
McKay, John | 0001 | MTC-00001582
McKay, Mark | 0001 | MTC-00011276
McKay, Stephen | 0001 | MTC-00003419
McKeaun, Cary | 0002 | MTC-00002950
McKee, Andy | 0001 | MTC-00024754
McKee, Billie and Don | 0001 | MTC-00008072
McKee, David | 0002 | MTC-00022919
McKee, Don | 0001 | MTC-00008568
Mckee, John | 0002 | MTC-00003560
McKee, Lloyd | 0001 | MTC-00012121
McKee, Richard | 0001 | MTC-00015682
McKee, William | 0001 | MTC-00017045
McKeener, Don | 0001 | MTC-00026035
McKellar, David | 0001 | MTC-00004921
Mckelvey, Patrick C. | 0001 | MTC-00009291
McKelvie, Neil | 0001 | MTC-00002067
McKenna | 0001 | MTC-00016452
McKenna, Bob | 0002 | MTC-00025705
McKenna, Dennis | 0001 | MTC-00032417
McKenna, Douglas | 0001 | MTC-00030648
McKenna, Sean | 0001 | MTC-00019541
Mckenna, Warren | 0001 | MTC-00001052
McKenna, Warren | 0001 | MTC-00025415
McKenna, Will | 0001 | MTC-00016628
McKenna, William | 0001 | MTC-00028855
McKenney, Tera | 0001 | MTC-00023912
McKenzie, Albert R. | 0001 | MTC-00011432
McKenzie, Andrew | 0001 | MTC-00026536
McKenzie, Bruce F. | 0001 | MTC-00009802
McKenzie, Chris | 0001 | MTC-00019099
MCKenzie, Jill | 0001 | MTC-00021699
McKenzie, Kevin | 0001 | MTC-00019854
McKeon, David | 0001 | MTC-00000731
McKercher, David | 0001 | MTC-00005244
McKigney, Darrell and Keating, Raymond | 0003 | MTC-00025031
Mckigney, Oassell & Keating, Raymond | 0003 | MTC-00030375
McKim, Patrick | 0001 | MTC-00011383
McKimmen, Larry | 0001 | MTC-00029949
McKinlay, George | 0001 | MTC-00001349
McKinley, Carol | 0001 | MTC-00030840
McKinley, Larry | 0001 | MTC-00021402
McKinley, Paul and Layne | 0001 | MTC-00005443
McKinley, Sheila | 0001 | MTC-00012923
McKinney, Donovan R. | 0003 | MTC-00019970
McKinney, Fred | 0002 | MTC-00011026
McKinney, Jean | 0001 | MTC-00013225
McKinney, Jim | 0001 | MTC-00008285
McKinney, Michael | 0001 | MTC-00003203
McKinney, Nick | 0001 | MTC-00017252
McKinney, Rosemary | 0001 | MTC-00022485
McKinney, Terence | 0001 | MTC-00001489
McKinney, Terrence P. | 0001 | MTC-00029579
McKirstry, Cary | 0001 | MTC-00020040
McKnight, Charles | 0001 | MTC-00000830
McKnight, Nick | 0001 | MTC-00027607
McLachlan | 0001 | MTC-00031341
McLachlan, Bert | 0004 | MTC-00030858
McLain, John | 0002 | MTC-00033113
McLain, Lee | 0001 | MTC-00000550
McLain, Lee | 0001 | MTC-00003610
McLain, Lee | 0001 | MTC-00016489
McLanahan, Bruce | 0002 | MTC-00021642
McLane, Herbert A. | 0001 | MTC-00002472
McLaren, Marlene | 0002 | MTC-00030583
McLaren, Richard | 0001 | MTC-00029858
McLarty, Donald | 0002 | MTC-00033167
McLauchlin, John and Mary | 0001 | MTC-00011819
McLaughlin, Dolores | 0001 | MTC-00023140
McLaughlin, Emilie | 0001 | MTC-00020807
McLaughlin, Joe and Pam | 0001 | MTC-00031913
McLaughlin, Michael | 0004 | MTC-00018710
McLaughlin, Mike | 0001 | MTC-00019932
McLaughlin, Randy | 0002 | MTC-00018410
McLaughlin, Scott | 0001 | MTC-00009271
McLaughlin, Ted | 0002 | MTC-00000061
McLaughlin, Vivienne | 0001 | MTC-00027371
McLaury, Ian | 0001 | MTC-00015564
McLay, Michael | 0001 | MTC-00004279
McLay, Michael | 0002 | MTC-00028023
Mclay70545@ aol.com | 0001 | MTC-00009531
McLClintock, jon | 0001 | MTC-00017066
McLean, Bob | 0002 | MTC-00003593
McLean, Lee J. | 0001 | MTC-00001700
Mclean, Odis | 0002 | MTC-00032231
McLeanNJ@ aol.com | 0001 | MTC-00007301
McLendon, T. C. | 0001 | MTC-00005721
McLendon, William W. | 0001 | MTC-00028344
McLennan, Bob | 0001 | MTC-00021713
McLennon, George | 0002 | MTC-00010748
McLeod, John | 0001 | MTC-00014393
McLeod, Patrick | 0001 | MTC-00019160
McMackin, Charles | 0001 | MTC-00015998
McMahan, Lois | 0001 | MTC-00032593
McMahon, David | 0002 | MTC-00028377
McMahon, Donald | 0001 | MTC-00008903
McMahon, Michael | 0001 | MTC-00000585
McMahon, Mike | 0001 | MTC-00002540
McMahon, Patrick | 0001 | MTC-00017482
McMahon, Richard | 0001 | MTC-00015451
McMahon, TOm | 0001 | MTC-00011524
McMains, Gary | 0001 | MTC-00022078
McMains, Richard | 0001 | MTC-00011291
McManus, Jeff | 0001 | MTC-00001698
McMAnus, John | 0001 | MTC-00031540
McManus, Justin | 0001 | MTC-00018611
McManus, Sabine | 0001 | MTC-00005715
McManus, Stephan | 0001 | MTC-00019979
McManus, Ted | 0001 | MTC-00016269
McMeen, Donald J. | 0001 | MTC-00002504
McMenamin, Peter | 0001 | MTC-00026916
McMichael, Ron | 0001 | MTC-00010285
McMillan, Bobby | 0001 | MTC-00020999
McMillan, Jeremy | 0001 | MTC-00016165
McMIllan, Tom | 0001 | MTC-00020842
McMillen, Debbie | 0001 | MTC-00005656
McMillen, James E. | 0001 | MTC-00027205
McMillian, Lois | 0001 | MTC-00005485
McMinn, S.D. | 0001 | MTC-00013128
McMorrow, robert | 0001 | MTC-00020297
McMullen, Bren | 0001 | MTC-00000934
McMullen, Fred | 0002 | MTC-00020368
McMullen, Robin | 0001 | MTC-00009772
McMullen, Scott | 0002 | MTC-00021020
McMullen, Tim | 0001 | MTC-00010814
McMullen, Wade | 0001 | MTC-00029522
McMunn, Jerry | 0001 | MTC-00002655
McMunn, Larry | 0001 | MTC-00001546
McMurrary, Bob | 0002 | MTC-00000693
McNabb, Sara | 0001 | MTC-00023088
McNair, Andrew | 0001 | MTC-00020707
McNair, John | 0004 | MTC-00027350
McNairy, Scott | 0001 | MTC-00006021
McNairy, Scott | 0001 | MTC-00011482
McNall, Kristen | 0001 | MTC-00019377
McNall, Michael | 0001 | MTC-00001400
McNalley, Michael | 0002 | MTC-00014356
McNally, Mac | 0001 | MTC-00010942
McNally, Sheryl | 0001 | MTC-00023854
McNamara, Catherine | 0001 | MTC-00030520
McNamara, Catherine | 0001 | MTC-00023046
McNamara, David M. | 0001 | MTC-00029790
McNamara, Dennis R. | 0001 | MTC-00007544
McNamara, Jenny | 0001 | MTC-00032794
McNamee, Dylan | 0001 | MTC-00016088
McNaugher, John | 0001 | MTC-00013235
McNaugher, John | 0001 | MTC-00021455
McNeal, Robert | 0001 | MTC-00002002
McNeal, Robert | 0002 | MTC-00002000
McNeal, Teri | 0001 | MTC-00020661
McNeany, Michael | 0001 | MTC-00017443
McNeany, Michael | 0001 | MTC-00016421
McNeany, Michael | 0001 | MTC-00017546
McNeely, Thomas | 0001 | MTC-00022507
McNeil, Anna | 0001 | MTC-00010532
McNeil, Harole E. | 0001 | MTC-00009955
McNeil, Matthew | 0001 | MTC-00023222
McNeill, Robert | 0001 | MTC-00000383
McNeill, Robert | 0001 | MTC-00018571
McNew, Ronald | 0001 | MTC-00018764
McNicholas, Stpehen | 0001 | MTC-00018998
McNicholl, Joseph | 0001 | MTC-00014082
MCP | 0001 | MTC-00023550
McPherson, Bart | 0001 | MTC-00017276
McPherson, James | 0001 | MTC-00022754
McPherson, Roy | 0002 | MTC-00020483
McPherson, Scott J. | 0001 | MTC-00006547
McPherson, Sean | 0001 | MTC-00015250
McQuaid, Mick | 0003 | MTC-00028824
McQuain, Okey | 0001 | MTC-00023570
McQuain, Okey | 0001 | MTC-00012028
McQuay, Laurene | 0001 | MTC-00011142
McQuay, Michael | 0002 | MTC-00018646
McQueen, Sally | 0001 | MTC-00008416
McQueen, William A. | 0003 | MTC-00028868
McQueeny, Chris | 0001 | MTC-00005971
Mcquigg, Del. Michele B | 0002 | MTC-00030220
McQuigg, Del. Micile B. | 0002 | MTC-00030328
McQuilkin, Michael | 0002 | MTC-00032193
McQuillan, John | 0002 | MTC-00025882
McQuillen, Angela | 0002 | MTC-00028795
McRae, Noel | 0001 | MTC-00002064
McReynolds, David | 0002 | MTC-00030906
McSheehy, James | 0001 | MTC-00001761
McSwain, John M. | 0001 | MTC-00031392
McSwain, Ken | 0001 | MTC-00012762
McSwain, Ken | 0001 | MTC-00007285
McSweeney, Diane | 0001 | MTC-00019293
McSweeney, Paul | 0001 | MTC-00033725
McTaggart, Ronald | 0001 | MTC-00013669
Mcubed Technologies | 0001 | MTC-00024348
McVarish, Mary Alice | 0002 | MTC-00026600
McVay, Eva | 0001 | MTC-00001836
McVeigh, Andrew | 0001 | MTC-00021219
McVey,Gary | 0001 | MTC-00011829
McVicker, Roger | 0001 | MTC-00007274
McVoy, Larry | 0001 | MTC-00003409
McWalters, D. M. | 0001 | MTC-00012726
McWeeney, Mel | 0002 | MTC-00004788
McWilliams, Garrett | 0002 | MTC-00019950
McWilliams, Thomas | 0001 | MTC-00032917
mdigia6203@ aol.com | 0001 | MTC-00000958
Mdigrosso | 0001 | MTC-00001109
mdw@ swoodinc.com | 0001 | MTC-00001562
Mead, Arnold | 0001 | MTC-00029111
Mead, Donald | 0001 | MTC-00025790
Mead, Harold | 0001 | MTC-00000650
Mead, Ken | 0001 | MTC-00005391
Mead, Kenway | 0001 | MTC-00029563
Mead, Sheila | 0001 | MTC-00019373
Meaders, Jud | 0001 | MTC-00004808
Meaders, Jud | 0001 | MTC-00004912
Meaders, Jud | 0001 | MTC-00027162
Meaders, Judd | 0001 | MTC-00000223
Meador, Donald | 0002 | MTC-00010638
Meadows, J.D. | 0001 | MTC-00000305
Mealer, George | 0001 | MTC-00018636
meandyou@ stny.rr.com | 0001 | MTC-00021408
Meaney, Daniel | 0001 | MTC-00031296
Meanig, Seth | 0001 | MTC-00028844
Means, Jeffrey | 0002 | MTC-00003370
Means, Robert | 0001 | MTC-00023834
Mearle | 0001 | MTC-00014698
Mears, Ed | 0001 | MTC-00021643
Mecham, Barbara | 0001 | MTC-00024729
Mechan, Eric | 0002 | MTC-00030091
Mechlowitz, Milton | 0001 | MTC-00007391
Mechlowitz, Milton | 0001 | MTC-00012603
Meck, Emil | 0001 | MTC-00013078
Meckley, Richard | 0002 | MTC-00013556
medana@ arkansas.net | 0001 | MTC-00014552
Medberry, David | 0001 | MTC-00016509
Medbery, Nathan | 0001 | MTC-00020063
Medea, Andra | 0001 | MTC-00018433
Medin, David | 0001 | MTC-00028902
Medin, Jay | 0001 | MTC-00006995
Medina, Victor | 0001 | MTC-00021807
Medinets, David | 0001 | MTC-00021840
Medintz, Mike S. | 0003 | MTC-00018219
Medley, Chris | 0001 | MTC-00005888
Medlock, C. W. | 0002 | MTC-00032330
Medlock, Cleburne | 0001 | MTC-00032105
Medlock, Cleburne | 0002 | MTC-00032104
Medrano, Samuel | 0002 | MTC-00008845
Medway, John J. | 0001 | MTC-00023109
Meeder, Lorin | 0002 | MTC-00033202
Meehan, James | 0001 | MTC-00005185
Meehan, Toby | 0001 | MTC-00000791
Meek, Derek | 0001 | MTC-00002914
Meek, Derek | 0001 | MTC-00002915
Meek, J.D. | 0001 | MTC-00018644
Meeker, Thomas | 0001 | MTC-00012342
Meekler, Michael | 0001 | MTC-00016559
Meengaziol, Peter | 0001 | MTC-00024064
Meese, Carl | 0001 | MTC-00003783
Meese, Jackie | 0001 | MTC-00021650
Meeth, Nicholas | 0001 | MTC-00015235
mefoley@ in-touch.net | 0001 | MTC-00010373
Megacz, Adam | 0001 | MTC-00017893
Megarey, Jayne | 0001 | MTC-00011905
Meggers, Roger | 0001 | MTC-00031286
Meggers, Roger | 0001 | MTC-00031292
Meginnes, Matthew | 0001 | MTC-00022809
Megow, Frank | 0001 | MTC-00013017
Megow, Frank | 0001 | MTC-00009497
Megverditchian, Armen | 0001 | MTC-00009514
Mehaffey, Jay | 0001 | MTC-00019392
Mehan, Robert E. | 0002 | MTC-00008242
mehbud@ yahoo.com | 0001 | MTC-00016024
Mehl, Christina | 0001 | MTC-00013595
Mehler, Mike | 0001 | MTC-00011503
Mehring, Michael A. | 0001 | MTC-00007611
Mehta, Prakasdh | 0001 | MTC-00005966
Meier, Andrew A. | 0001 | MTC-00019620
Meier, John | 0001 | MTC-00012889
Meier, Tony | 0001 | MTC-00005575
Meighan, Joseph | 0001 | MTC-00014194
Meigs, William | 0002 | MTC-00033210
Meijer, Marco | 0001 | MTC-00018213
Meinert, Herman | 0001 | MTC-00022909
Meinfelder, Edmond | 0001 | MTC-00000860
Meins, Charles | 0001 | MTC-00020916
Meintjes, John A. | 0001 | MTC-00011918
Meisberger, Raymond | 0002 | MTC-00030246
Meixner, David | 0001 | MTC-00023809
Meixner, Paul | 0002 | MTC-00015852
Mel | 0001 | MTC-00018456
Meland, Mark P. | 0001 | MTC-00004267
Melanson, Dave | 0001 | MTC-00021110
Melanson, Orman | 0001 | MTC-00023043
Melby, Jeff | 0001 | MTC-00017150
Melchner, Mel | 0001 | MTC-00014185
Meldrich, Joe | 0002 | MTC-00010222
Melick, Keith | 0001 | MTC-00000343
Melillo, Larry | 0001 | MTC-00024633
Melin, Jeffrey | 0001 | MTC-00008439
Melin, Melvin R. | 0001 | MTC-00006687
Mellem, Marvin | 0002 | MTC-00001828
Mellema, James | 0002 | MTC-00010757
Mellen, Ruth | 0001 | MTC-00029934
Melli, Alex | 0002 | MTC-00007730
Mellinger, Carol | 0001 | MTC-00023200
Mello, Roberto | 0001 | MTC-00020290
Mellon, Seth | 0002 | MTC-00018232
Mellor, Art | 0001 | MTC-00004935
Mellor, Robert | 0001 | MTC-00029041
Melody, Patrick | 0003 | MTC-00033571
Melody, Patrick | 0003 | MTC-00027531
melody@ bellsouth.net | 0001 | MTC-00028630
Meloon, Walter | 0001 | MTC-00031270
Melstronm, John W. | 0001 | MTC-00031425
Melton, Connie | 0002 | MTC-00014278
Melton, Dawn | 0001 | MTC-00024594
Melton, Gladys Joyce | 0001 | MTC-00012351
Melton, Jeffrey | 0001 | MTC-00003916
Melton, Robert | 0001 | MTC-00016968
Melton, Terry | 0001 | MTC-00016729
Meltzer, Cathy | 0001 | MTC-00022496
Meltzer, Dave | 0001 | MTC-00011625
Melville, Colin | 0001 | MTC-00016089
Melvin, Barbara | 0001 | MTC-00023285
Melvin, Dave | 0001 | MTC-00010776
Melvin, Kenneth | 0001 | MTC-00021788
Melvin, Melissa | 0002 | MTC-00028977
Melvin, Patricia | 0001 | MTC-00030405
Members of Washington House of Representatives | 0002 | MTC-00031798
Mena, Edson | 0002 | MTC-00014602
Mena, Edward | 0002 | MTC-00014636
Menard, Elizabeth | 0001 | MTC-00011543
Menardi, Peter | 0002 | MTC-00033418
Menart, John A. | 0001 | MTC-00007565
Menary, Michael | 0001 | MTC-00003808
Menchini, Peter | 0001 | MTC-00010656
Mencik, Stephen | 0001 | MTC-00016037
Mendelsohn, Phil | 0002 | MTC-00004060
Menderhall, C. | 0001 | MTC-00011906
Mendes, Richard | 0001 | MTC-00029250
Mendez, wilson | 0001 | MTC-00024386
Mendiola, Martin | 0002 | MTC-00029743
Mendoza, Ken | 0001 | MTC-00001886
Mendra, Dramen | 0001 | MTC-00005068
Mendros, Stauros J. | 0001 | MTC-00029578
Meng, Bethy | 0001 | MTC-00008040
Meng, Eric | 0001 | MTC-00006078
Menifree, Elijah | 0001 | MTC-00019043
Menirv, Kene | 0001 | MTC-00015098
Menking, Stewart | 0001 | MTC-00007987
Menner, Bill | 0005 | MTC-00023549
Menold, Joshua | 0001 | MTC-00032633
Menor, Scott | 0001 | MTC-00003450
menoud, jean-Michel | 0001 | MTC-00007890
Mensch, Dale | 0001 | MTC-00015631
Mensch, Tom | 0001 | MTC-00017521
Menzel, Chris | 0001 | MTC-00004037
Mera, Andres | 0001 | MTC-00004254
Mera, Andres | 0001 | MTC-00012708
Mercado, Hector | 0001 | MTC-00017901
Merce, Christopher | 0001 | MTC-00016755
Merced-Ownbey, Doralyn J. | 0001 | MTC-00021060
Mercer, Annette | 0001 | MTC-00019767
Mercer, Jinx | 0002 | MTC-00014626
Mercer, Julie | 0001 | MTC-00021334
Mercer, Trish | 0001 | MTC-00009742
Merchant, Ron | 0001 | MTC-00011914
Mercier, Raymond | 0001 | MTC-00010197
Meredith, Dale | 0001 | MTC-00025150
Meredith, Justin | 0001 | MTC-00028538
Merges, Palmarin | 0001 | MTC-00013025
Merges, Palmarin | 0001 | MTC-00009933
Merhar, Joe | 0001 | MTC-00016941
Merida, Oscar | 0001 | MTC-00015878
Merisow, Sheldon L. | 0001 | MTC-00030753
Meritt, Raymond and Barbara | 0002 | MTC-00030429
Meriwether, Dan | 0001 | MTC-00017639
Meriwether, David | 0001 | MTC-00017026
Merkey, Brian | 0001 | MTC-00023108
Merkle, Robert | 0002 | MTC-00033071
Merklin, Deborah | 0001 | MTC-00005719
Merkovich, Justin | 0001 | MTC-00025249
Merner, Philip | 0001 | MTC-00000821
merr-lynn@ msn.com | 0001 | MTC-00012754
Merrell, Jill | 0002 | MTC-00032277
Merrell, Ronald | 0001 | MTC-00005652
Merrell, Trey | 0001 | MTC-00016320
Merrick, Carl | 0001 | MTC-00012571
Merrick, Michael | 0001 | MTC-00025644
Merrick, Michael F. | 0001 | MTC-00025264
Merrill, Bonnie H. | 0001 | MTC-00012939
Merrill, D. J. | 0001 | MTC-00022974
Merrill, David C. | 0002 | MTC-00019101
Merrill, Gene | 0001 | MTC-00016862
Merriman, David M. | 0001 | MTC-00013942
Merritt, Eric | 0007 | MTC-00015328
Merritt, G. Del | 0001 | MTC-00025136
Merritt, Gene E. | 0001 | MTC-00028895
Merritt, Maverick | 0001 | MTC-00003063
Merritt, Raymond | 0001 | MTC-00024920
Merritt, Tim | 0001 | MTC-00022154
Merrll, Dave | 0001 | MTC-00022957
Mertens, Sam | 0001 | MTC-00016670
Merter, Mark | 0001 | MTC-00016727
Mertz, Thomas R. | 0001 | MTC-00013337
Mery, Wayne S. | 0001 | MTC-00002515
Merz, Carl | 0001 | MTC-00012713
Merz, Carl A. | 0001 | MTC-00007678
Mes, Dion | 0001 | MTC-00014929
Mesarch, Byron S. | 0001 | MTC-00020304
Meserve, Paul | 0001 | MTC-00014893
Meshkin, Lawrence D. | 0001 | MTC-00026137
Meshkin, Marie H. | 0001 | MTC-00026139
Mesirow, John | 0001 | MTC-00005967
Meskimen, John C. | 0001 | MTC-00006613
Meskimen, John C. | 0001 | MTC-00012512
Messano, Michael | 0001 | MTC-00019481
Messenger, Karen | 0001 | MTC-00004371
Messenger, Matthew | 0001 | MTC-00016068
Messenger, Matthew | 0001 | MTC-00016122
Messenheimee, Harry | 0003 | MTC-00030460
Messer, Beverly | 0001 | MTC-00013186
Messersmith, Dan | 0001 | MTC-00005426
Messick, David | 0001 | MTC-00014203
Messina, Kathlyn | 0001 | MTC-00028035
Messina, Kathlyn | 0001 | MTC-00028037
Messing, Aaron | 0001 | MTC-00007040
Messinger, Ben | 0002 | MTC-00017189
Messler, Charles | 0001 | MTC-00010588
Messmedia@ loop.com | 0001 | MTC-00008654
Messmer, Chris E. | 0001 | MTC-00023031
Messmer, Chris E. | 0001 | MTC-00002526
Messmer, Timothy | 0001 | MTC-00007706
Messner, David | 0001 | MTC-00014167
Messner, Jeff | 0001 | MTC-00016140
Messutta. Stephen | 0002 | MTC-00027760
Mestel, David | 0001 | MTC-00018691
Mesz, Margaret | 0001 | MTC-00014291
Meszar, Mark | 0001 | MTC-00033312
Met | 0001 | MTC-00017157
metaljo | 0001 | MTC-00021386
Metcalf, Fred T. | 0001 | MTC-00016281
Metcalf, Walter | 0001 | MTC-00021696
Metcalfe, Douglas | 0001 | MTC-00004308
Metcalfe, Douglas | 0001 | MTC-00020457
Metcalfe, Greg | 0001 | MTC-00025464
Metclaf, Peter | 0001 | MTC-00021348
Metter, Steve | 0001 | MTC-00015094
Metters, Bobbie J. | 0001 | MTC-00011642
Mettler, Donal | 0001 | MTC-00020232
Mettler, Lewis A. | 0001 | MTC-00002578
Metz, Jason | 0002 | MTC-00017188
Metz, Ryan | 0001 | MTC-00023406
Metz, Shmuel | 0001 | MTC-00033485
Metz, Shmuel | 0002 | MTC-00024591
Metz, T. Aaron | 0001 | MTC-00009945
Metzer, Scott | 0001 | MTC-00019385
Metzger, Allen M. | 0001 | MTC-00028204
Metzger, Margaret A. | 0002 | MTC-00022385
Metzler, Chris | 0011 | MTC-00028391
Metzler, Diane | 0001 | MTC-00000726
Metzler, Mike | 0001 | MTC-00015443
Meulen, Andy | 0001 | MTC-00017102
Meuser, John C. | 0001 | MTC-00015095
Mewborn, G. | 0001 | MTC-00009283
Meyer, Alan | 0001 | MTC-00003016
Meyer, Alan | 0001 | MTC-00003057
Meyer, Andreas | 0001 | MTC-00002774
Meyer, Brian T. | 0001 | MTC-00013684
Meyer, Chris | 0001 | MTC-00018464
Meyer, David | 0001 | MTC-00001386
Meyer, Doug | 0001 | MTC-00020246
Meyer, Edwin | 0001 | MTC-00025877
Meyer, Frank | 0001 | MTC-00003844
Meyer, Fred | 0001 | MTC-00006830
Meyer, Gerald | 0001 | MTC-00005833
Meyer, Gerald | 0001 | MTC-00013115
Meyer, Gordan | 0001 | MTC-00016585
Meyer, Harry | 0001 | MTC-00012881
Meyer, Margaret | 0002 | MTC-00033177
Meyer, Michael L. | 0001 | MTC-00001782
Meyer, Mike | 0001 | MTC-00018650
Meyer, Norman | 0001 | MTC-00007464
Meyer, Norman | 0001 | MTC-00007555
Meyer, Priscilla | 0001 | MTC-00022997
Meyer, Richard G. | 0001 | MTC-00012444
Meyer, Scott | 0002 | MTC-00000418
Meyer, Scott | 0001 | MTC-00015671
Meyer, Steve | 0001 | MTC-00024505
Meyer, Vincent | 0001 | MTC-00019565
Meyer, William | 0001 | MTC-00019614
meyerforest@ aol.com | 0001 | MTC-00014567
Meyers, Charles | 0002 | MTC-00024887
Meyers, Chris | 0001 | MTC-00017030
Meyers, Frank | 0001 | MTC-00009363
Meyers, Gary | 0001 | MTC-00000455
Meyers, Joe | 0001 | MTC-00029856
Meyers, Michele | 0001 | MTC-00031029
Meyers, W. S. | 0001 | MTC-00004069
Meyers, William | 0001 | MTC-00023372
Meyerson, Irving | 0001 | MTC-00012909
Meyes, Rich | 0001 | MTC-00009204
Meyn, Klaus | 0001 | MTC-00007294
Meytin, Roman | 0001 | MTC-00015743
Mezori, George | 0001 | MTC-00009362
Mezori, George | 0001 | MTC-00009359
mf.mathis@ gte.net | 0001 | MTC-00024764
Mgb-bas@ onediaone.net | 0001 | MTC-00010420
mgb—bas@ mediane.net | 0001 | MTC-00014496
mgb—bas@ mediaone.net | 0001 | MTC-00024813
mgiblin@ prudentmutual.com | 0001 | MTC-00009224
Mgostovich@ triumphtx.org | 0001 | MTC-00024801
MGYSGTUSMC@ aol.com | 0001 | MTC-00001865
Mheyes | 0001 | MTC-00015040
Miata, Felix | 0001 | MTC-00019240
Miceli, Giorgio G.A. Sr. | 0001 | MTC-00025750
MICGOETZ@ cs.com | 0001 | MTC-00006440
Michael | 0001 | MTC-00013049
Michael | 0001 | MTC-00013741
Michael | 0001 | MTC-00015893
Michael P. Conlon | 0002 | MTC-00019711
Michael, Ed | 0001 | MTC-00020357
Michael, Eugene | 0001 | MTC-00030748
Michael, Jonathan | 0001 | MTC-00013176
Michael, Ted | 0001 | MTC-00008064
michael.little@ worldnet.att.net | 0001 | MTC-00024784
Michaelee, Dennis | 0001 | MTC-00030732
Michaelian, Dave | 0001 | MTC-00027403
Michaelian, Heidi | 0001 | MTC-00028884
Michaelis, Rod | 0001 | MTC-00028146
MICHAELJP@ aol.com | 0001 | MTC-00023141
michaelouise2@ aol.com | 0001 | MTC-00011320
Michaels, Mac | 0001 | MTC-00016588
Michaels, Phyllis | 0001 | MTC-00003365
Michaels-Ober, Erik | 0001 | MTC-00023628
Michal, Carl | 0003 | MTC-00004366
Michaud, Darrell | 0001 | MTC-00027332
Michel, Bill | 0001 | MTC-00006889
Michel, Cody | 0001 | MTC-00013576
Michel, Jason | 0001 | MTC-00027164
Michel, Nicola | 0001 | MTC-00000932
Michel, Nicolai | 0001 | MTC-00030669
Michel@ email.netonecom.net | 0001 | MTC-00003744
Michelman, Joshua | 0001 | MTC-00007422
Michelman, William | 0001 | MTC-00005487
Michelson, Charlie | 0001 | MTC-00002205
Michelson, Curtis | 0001 | MTC-00004871
Michelson, Rhett | 0001 | MTC-00025433
Michot, Michael J. | 0002 | MTC-00031176
Micka, Linda | 0001 | MTC-00022729
Mickelson, William N. | 0001 | MTC-00009636
Mickey, Daniel D. | 0001 | MTC-00018855
mickeydog@ zianet.com | 0001 | MTC-00016436
micki3034@ webtv.net | 0001 | MTC-00014522
micki3034@ webtv.net | 0001 | MTC-00021404
Micnchin, Tom | 0001 | MTC-00024878
Micorsoft ATR [sic] | 0001 | MTC-00014670
Microsoft Action | 0001 | MTC-00002958
Microsoft ATR | 0001 | MTC-00028073
Microsoft Settlement | 0001 | MTC-00003771
Microsoft Settlement | 0002 | MTC-00008224
Microsoft Settlement | 0001 | MTC-00003569
Microsoft Settlement | 0001 | MTC-00025207
Middlebrooks, Charles | 0001 | MTC-00024496
Middleton, Edward | 0001 | MTC-00009319
Middleton, Edward Kirk | 0001 | MTC-00012283
Midgley, Brad | 0001 | MTC-00015549
Midofer, Michele | 0001 | MTC-00024468
Midura, Marc | 0001 | MTC-00016061
Miedlar, Mark | 0002 | MTC-00032335
Miejera@ aol.com | 0001 | MTC-00008067
Mielczarek, Ted | 0001 | MTC-00017700
Miele, V. P. | 0001 | MTC-00004364
Miele, V.P. | 0001 | MTC-00000618
Mielke, John K. | 0001 | MTC-00006847
Mier, John | 0001 | MTC-00002842
Mieres, Victor | 0001 | MTC-00027968
Mierop, Lex | 0001 | MTC-00015011
Miers, Kelly | 0001 | MTC-00024561
Mieth, Wayne | 0001 | MTC-00011832
Mieusset, Jean L. | 0001 | MTC-00018463
Miglino, Bill | 0002 | MTC-00010235
Mignault, Josh | 0001 | MTC-00015132
Mignini, Thomas | 0002 | MTC-00033131
Mihail | 0001 | MTC-00005807
Mihopulos, Rebecca | 0001 | MTC-00021759
Miichaud, C. Andrew | 0001 | MTC-00024147
Mike | 0002 | MTC-00002708
Mike | 0001 | MTC-00003143
Mike | 0001 | MTC-00010846
Mike | 0001 | MTC-00005281
Mike | 0001 | MTC-00007491
mike-urban@ hnc.com | 0001 | MTC-00014541
mike@ theputnams.net | 0001 | MTC-00019694
mike@ wt6.usdoj.gov | 0001 | MTC-00016877
mikemartin1@ earthlink.net | 0001 | MTC-00017322
mikeoc@ digitalexp.com | 0001 | MTC-00028717
Mikesuda@ gtw.net | 0001 | MTC-00028104
Mikey | 0001 | MTC-00004395
mikey's2@ pacbell.net | 0001 | MTC-00012725
mikeyhsd@ cox-internet.com | 0001 | MTC-00020800
mikeziegler@ arrowfastener.com | 0001 | MTC-00010391
Mikki | 0001 | MTC-00004127
Mikle, Vladimir | 0001 | MTC-00002392
Mikowski, Michael S. | 0004 | MTC-00002211
Mikowski, Michael S. | 0004 | MTC-00010284
Mikulski, William | 0001 | MTC-00025841
Mikus, Augey | 0002 | MTC-00003868
Milam, Todd | 0001 | MTC-00015633
Milavic, Jack | 0002 | MTC-00033453
Milbauer, Gil | 0001 | MTC-00005163
Miles, Carl | 0001 | MTC-00004947
Miles, David | 0002 | MTC-00017109
Miles, Frank | 0002 | MTC-00003775
Miles, Jim and Loretta | 0001 | MTC-00023155
MIles, Margie | 0001 | MTC-00020697
Miles, Robert | 0001 | MTC-00012553
Mileti, Bob | 0001 | MTC-00010822
Mileti, Bob | 0001 | MTC-00015315
Milevskiy, Trevor | 0001 | MTC-00002062
Milewski, Robert A. | 0001 | MTC-00017656
Miley, John | 0001 | MTC-00004173
Milford, Casey | 0001 | MTC-00015276
Milhizer, Eric | 0001 | MTC-00000458
Milian, Rudolph E. | 0001 | MTC-00006841
Milican, Roy | 0001 | MTC-00016395
Miline, Scott | 0001 | MTC-00005879
Milito, Craig | 0001 | MTC-00022689
Milke, Howard | 0002 | MTC-00033099
Millage, Angela | 0001 | MTC-00025997
Millage, David | 0001 | MTC-00029807
Millar, Mitch | 0001 | MTC-00008254
MIllard, Doug | 0001 | MTC-00020208
Millard, Mark | 0002 | MTC-00014476
Miller JP | 0001 | MTC-00024294
Miller, Aaron | 0001 | MTC-00000371
Miller, Adam | 0001 | MTC-00020787
Miller, Alan | 0001 | MTC-00031944
Miller, Allan | 0002 | MTC-00019584
Miller, Anatoly | 0001 | MTC-00028429
Miller, Andrew | 0002 | MTC-00000071
Miller, Andrew | 0001 | MTC-00013377
Miller, Andrig | 0004 | MTC-00003174
Miller, Andrig T. | 0004 | MTC-00003096
Miller, Arthur | 0001 | MTC-00030827
Miller, Arthur | 0001 | MTC-00030828
Miller, Billy | 0001 | MTC-00028886
Miller, Bob | 0001 | MTC-00017012
Miller, Bob | 0001 | MTC-00031702
Miller, Brad | 0001 | MTC-00019248
Miller, Brett | 0001 | MTC-00027557
Miller, Brian | 0001 | MTC-00016925
Miller, Bruce | 0001 | MTC-00028986
Miller, Bryan | 0001 | MTC-00022939
Miller, Burnton | 0001 | MTC-00023185
Miller, Carlton | 0002 | MTC-00032447
Miller, Carlton D. | 0002 | MTC-00032194
Miller, Chad | 0001 | MTC-00025278
Miller, Christian | 0002 | MTC-00002123
Miller, Christian | 0001 | MTC-00014155
Miller, Clint | 0002 | MTC-00027739
Miller, Craig | 0001 | MTC-00019507
Miller, Craig S. | 0001 | MTC-00020061
Miller, D. | 0001 | MTC-00026097
Miller, Dale | 0001 | MTC-00011387
Miller, Damon | 0001 | MTC-00028806
Miller, Daniel | 0001 | MTC-00022286
Miller, Daniel | 0001 | MTC-00008555
Miller, David | 0001 | MTC-00027211
Miller, David D. | 0001 | MTC-00006667
Miller, David G. | 0001 | MTC-00010665
Miller, Dennis | 0001 | MTC-00000579
Miller, Dennis | 0001 | MTC-00008327
Miller, Don | 0002 | MTC-00031818
Miller, Donal | 0001 | MTC-00023193
Miller, Donna | 0001 | MTC-00026721
Miller, Duane | 0001 | MTC-00012522
Miller, Dwight | 0001 | MTC-00021772
Miller, Edward | 0001 | MTC-00021878
Miller, Edwin | 0002 | MTC-00014720
Miller, Ellen | 0001 | MTC-00009083
Miller, Eric | 0001 | MTC-00019822
Miller, Fred A. | 0001 | MTC-00017467
Miller, Fred A. | 0001 | MTC-00003854
Miller, Frederick | 0002 | MTC-00033171
Miller, Fredrick | 0001 | MTC-00001233
Miller, Gary | 0002 | MTC-00001931
Miller, Gary | 0002 | MTC-00010142
Miller, Geoff | 0001 | MTC-00023014
Miller, Geoff | 0001 | MTC-00009346
Miller, Geoffrey | 0002 | MTC-00026208
Miller, Gerald | 0001 | MTC-00025483
Miller, Grant | 0001 | MTC-00026801
Miller, Greg | 0001 | MTC-00032091
Miller, Greg | 0001 | MTC-00001230
Miller, Harry | 0001 | MTC-00021202
Miller, Henry W. | 0001 | MTC-00015724
Miller, Herb | 0001 | MTC-00020581
Miller, Jacob Dorsett | 0001 | MTC-00019678
Miller, James | 0001 | MTC-00006160
Miller, James | 0001 | MTC-00029427
Miller, James F. | 0001 | MTC-00008411
Miller, Jan | 0001 | MTC-00011575
Miller, Jason | 0001 | MTC-00001915
Miller, Jason | 0002 | MTC-00016188
Miller, Jason C. | 0001 | MTC-00021672
Miller, Jason C. | 0001 | MTC-00015084
Miller, Jason D. | 0001 | MTC-00005102
Miller, Jeanne A. | 0002 | MTC-00026805
Miller, Jeff | 0001 | MTC-00006028
Miller, Jim | 0001 | MTC-00016626
Miller, Jim | 0001 | MTC-00021835
Miller, Jim | 0002 | MTC-00005083
Miller, Jim | 0001 | MTC-00010060
Miller, Joanne | 0001 | MTC-00014211
Miller, John | 0001 | MTC-00022928
Miller, John G. | 0001 | MTC-00025138
Miller, John G. | 0001 | MTC-00030404
Miller, John R. | 0001 | MTC-00004006
Miller, Jonathan | 0001 | MTC-00017005
Miller, Justin | 0002 | MTC-00017126
Miller, Keith | 0001 | MTC-00021742
Miller, Ken | 0001 | MTC-00013209
Miller, Ken | 0001 | MTC-00016571
Miller, Ken and Jan | 0001 | MTC-00023033
Miller, Kent | 0001 | MTC-00019277
Miller, Laura | 0001 | MTC-00005710
Miller, Lou | 0001 | MTC-00022162
Miller, Luana | 0002 | MTC-00011566
Miller, Luke | 0001 | MTC-00018419
Miller, Marie | 0001 | MTC-00009572
Miller, Mark | 0001 | MTC-00006434
Miller, Mark | 0002 | MTC-00017773
Miller, Mark | 0001 | MTC-00026879
Miller, Matthew | 0002 | MTC-00015111
Miller, Matthew | 0001 | MTC-00016563
Miller, Michael | 0001 | MTC-00004886
Miller, Michael | 0001 | MTC-00003568
Miller, Michael | 0001 | MTC-00021132
Miller, Michael A. | 0001 | MTC-00015097
Miller, Mike | 0002 | MTC-00003809
Miller, Mike | 0001 | MTC-00020522
Miller, Paul | 0001 | MTC-00022771
Miller, Paul | 0001 | MTC-00020913
Miller, Phil | 0001 | MTC-00028881
Miller, Philip | 0002 | MTC-00033065
Miller, Ramona | 0001 | MTC-00020308
Miller, Raul | 0002 | MTC-00017558
Miller, Ray | 0001 | MTC-00025973
Miller, Richard | 0002 | MTC-00029979
Miller, Richard H. | 0002 | MTC-00008162
Miller, Richard H. | 0001 | MTC-00012903
Miller, Robert | 0001 | MTC-00017865
Miller, Robert C. | 0001 | MTC-00019444
Miller, Robin | 0001 | MTC-00004057
Miller, Robin | 0001 | MTC-00028044
Miller, Ron | 0001 | MTC-00015353
Miller, Ronald L. | 0001 | MTC-00000065
Miller, Ronnie | 0001 | MTC-00031324
Miller, Sharon | 0001 | MTC-00029619
Miller, Sharon | 0002 | MTC-00030470
Miller, Sharon K. | 0001 | MTC-00022833
Miller, Sharon K. | 0001 | MTC-00024369
Miller, Sharon K. | 0001 | MTC-00024379
Miller, Sidney | 0002 | MTC-00033246
Miller, Steve | 0001 | MTC-00010263
Miller, Steve | 0002 | MTC-00008691
Miller, Steven | 0001 | MTC-00014765
Miller, Thomas | 0001 | MTC-00027310
Miller, Timothy | 0001 | MTC-00000990
Miller, Timothy | 0002 | MTC-00016185
Miller, Tom | 0002 | MTC-00014261
Miller, Tom | 0002 | MTC-00010555
Miller, Tony | 0001 | MTC-00008239
Miller, Warren | 0001 | MTC-00012451
Miller, Warren | 0001 | MTC-00031351
Miller, Wayne | 0001 | MTC-00004317
Miller, William | 0001 | MTC-00013290
Miller, William | 0002 | MTC-00030638
Miller3174@ aol.com | 0001 | MTC-00007571
Millerick, Shawn P. | 0001 | MTC-00002725
Millet, John | 0001 | MTC-00033863
Millevoi, Arthur | 0001 | MTC-00031373
Millicam, Rebecca | 0001 | MTC-00020473
Millican, tripp | 0001 | MTC-00015294
Millichamp, Les | 0001 | MTC-00024315
Millichamp, Sean E. | 0003 | MTC-00024100
Milligan, David A. | 0001 | MTC-00024995
Milligan, Forrest | 0001 | MTC-00029045
Milligan, Jerry | 0001 | MTC-00013515
Milligan, Sheila | 0001 | MTC-00005980
Milliken, Scott | 0001 | MTC-00016535
Milliner, Ron | 0001 | MTC-00015963
Millington, John | 0001 | MTC-00019152
Million, Darrell | 0001 | MTC-00022782
Mills, Blake | 0001 | MTC-00029546
Mills, Carol | 0001 | MTC-00020130
Mills, Cathy | 0001 | MTC-00007353
Mills, Edward | 0001 | MTC-00026595
Mills, Emerson | 0001 | MTC-00023816
Mills, Gary | 0001 | MTC-00025193
Mills, Jack | 0001 | MTC-00028933
Mills, Jeff | 0001 | MTC-00010107
Mills, Josh | 0001 | MTC-00022938
Mills, Kathryn | 0001 | MTC-00012139
Mills, M. | 0001 | MTC-00008238
Mills, Mark | 0001 | MTC-00031985
MIlls, Mark M. | 0001 | MTC-00031646
Mills, Mike | 0001 | MTC-00003366
Mills, Pierce | 0001 | MTC-00012217
Mills, sam | 0001 | MTC-00024491
Mills, W. Nathaniel | 0002 | MTC-00010852
Mills, Walter | 0001 | MTC-00009679
Millsap, Mark | 0001 | MTC-00021329
Millsaps, Gene | 0001 | MTC-00009853
Millson, Michael | 0003 | MTC-00030682
Millson, Mike | 0001 | MTC-00002943
Millson, Mike | 0002 | MTC-00004363
Millward, Ruth | 0001 | MTC-00024942
Millwood@ aol.com | 0001 | MTC-00008708
Milman, Alex | 0001 | MTC-00005870
Milner, David | 0001 | MTC-00016322
Milsap, Glenn | 0001 | MTC-00031307
Milstead, W.H. | 0002 | MTC-00032048
Milsud, John | 0002 | MTC-00027568
Miltner, Tina | 0001 | MTC-00011874
Milton, Cheri | 0001 | MTC-00031122
Milton, David | 0001 | MTC-00011522
Milton, Stephen | 0001 | MTC-00018004
MIMIPIERCE@ aol.com | 0001 | MTC-00014782
Minafra, Louis A. | 0001 | MTC-00000377
Minar, Gary | 0001 | MTC-00007985
Minardi, Cynthia | 0001 | MTC-00013245
Mindenhall, Mark | 0001 | MTC-00029018
Minder, Stephen | 0001 | MTC-00011595
Mindfull | 0001 | MTC-00025434
Mindler, Dan | 0001 | MTC-00015200
Mindrup, Paul | 0001 | MTC-00006742
Mineer, Lloyd | 0002 | MTC-00031672
Minette, Garth | 0001 | MTC-00018200
Mings, Jerry Spencer | 0002 | MTC-00025369
Minix, David | 0001 | MTC-00025315
Minke, Travis | 0002 | MTC-00013930
Minkin, Andrew | 0001 | MTC-00005666
Minkoff, Anthony | 0006 | MTC-00009711
Minnick, Ronald | 0002 | MTC-00026210
Minnie, Joseph | 0001 | MTC-00029137
Minnoe, E. Lois | 0001 | MTC-00026370
Minnoe, Robert | 0001 | MTC-00032935
Minoofar, Albert | 0002 | MTC-00028660
Minor, Ira J. | 0001 | MTC-00022159
Minor, Ira J. | 0001 | MTC-00002405
Minor, Matthew | 0001 | MTC-00018536
Minor, Terry | 0001 | MTC-00031720
Minor, Wayne | 0001 | MTC-00025053
Minott, Bob | 0001 | MTC-00008510
Mintz, Elaine | 0001 | MTC-00007239
Mintz, Leon | 0001 | MTC-00005009
Mintze, Kai | 0004 | MTC-00031355
Minvielle, Robert | 0001 | MTC-00015189
Minyard, Cory | 0002 | MTC-00027103
Miraglia, Woody | 0001 | MTC-00007089
Miragliotta, Vito | 0001 | MTC-00023278
Miranda, Jose | 0001 | MTC-00018800
Mirande, Karen | 0002 | MTC-00002303
Mirande, Michael | 0004 | MTC-00004864
Miranto, Jim | 0001 | MTC-00025751
Mirchandani, Gop | 0001 | MTC-00008963
Mirchandani, Jaideep | 0001 | MTC-00011146
Mireles, Jesse | 0001 | MTC-00013555
Mireless, Jesse | 0001 | MTC-00013491
Mires, David | 0001 | MTC-00030547
Mirspepasy, Emil | 0001 | MTC-00007593
Mirvish, Anthony | 0002 | MTC-00026989
Misch, Michael | 0001 | MTC-00029608
Miskiewicz, James | 0001 | MTC-00016314
Misko | 0001 | MTC-00004728
missal01@ aol.com | 0001 | MTC-00024797
Missert, Jon | 0001 | MTC-00005486
Missimer, Pam | 0001 | MTC-00021032
Missiroli, Marcello | 0001 | MTC-00021821
Mistac1@ cox.net | 0001 | MTC-00014661
Mistura, John | 0001 | MTC-00013064
Misyura, Andrew | 0001 | MTC-00021619
Mitchell Jr., William | 0001 | MTC-00004078
Mitchell, ALan | 0002 | MTC-00003627
Mitchell, B. J. | 0001 | MTC-00015113
Mitchell, Beatrice | 0001 | MTC-00023247
Mitchell, Bill | 0001 | MTC-00031206
Mitchell, Carson | 0002 | MTC-00007425
Mitchell, Chris | 0001 | MTC-00014444
Mitchell, Craig | 0001 | MTC-00020153
Mitchell, David | 0004 | MTC-00017643
Mitchell, David | 0001 | MTC-00018407
Mitchell, Doug | 0001 | MTC-00027444
Mitchell, Edmund | 0001 | MTC-00020760
Mitchell, Elliott | 0001 | MTC-00028841
Mitchell, George | 0001 | MTC-00004205
Mitchell, Harold G. | 0001 | MTC-00028822
Mitchell, Harold G. | 0001 | MTC-00028834
Mitchell, J. Wesley | 0002 | MTC-00010227
Mitchell, Jeff | 0001 | MTC-00020081
Mitchell, Jeffrey | 0002 | MTC-00018872
Mitchell, Jim | 0001 | MTC-00027079
Mitchell, Jimmy R. | 0001 | MTC-00029597
Mitchell, John A. | 0001 | MTC-00007218
Mitchell, John D. | 0005 | MTC-00028700
Mitchell, John T. | 0001 | MTC-00004093
Mitchell, Laurie | 0001 | MTC-00006902
Mitchell, Laurie J. | 0001 | MTC-00029975
Mitchell, Mark | 0001 | MTC-00002483
Mitchell, Michael | 0001 | MTC-00033552
Mitchell, Michael | 0001 | MTC-00018865
Mitchell, Michael L | 0001 | MTC-00027476
Mitchell, Ocie | 0002 | MTC-00018137
Mitchell, Pamela | 0001 | MTC-00020592
Mitchell, Paul and Germaine | 0001 | MTC-00004264
Mitchell, Paul S. & Germiane K. | 0001 | MTC-00019572
Mitchell, Phil | 0001 | MTC-00014098
Mitchell, Richard | 0002 | MTC-00004579
Mitchell, Robert | 0001 | MTC-00006823
Mitchell, Robert | 0001 | MTC-00031265
Mitchell, Rodney | 0001 | MTC-00028863
Mitchell, Ronald A. | 0001 | MTC-00000501
Mitchell, Roy | 0001 | MTC-00003264
Mitchell, Steven W. | 0002 | MTC-00002956
Mitchell, Vance | 0002 | MTC-00033232
Mitchen, ALexander | 0002 | MTC-00010542
Mitchum, Pam | 0003 | MTC-00014395
Mitchum, Spencer | 0001 | MTC-00001942
Mitlon, David | 0001 | MTC-00008828
Mitonam, Ann | 0001 | MTC-00011751
Mitros, Piotr | 0001 | MTC-00018010
Mittelman, Robert H. | 0002 | MTC-00002763
Mittovich, Dushen | 0002 | MTC-00030325
Mitts, Doug | 0001 | MTC-00020373
Mitts, Douglas | 0002 | MTC-00002575
Mitts, Josh | 0001 | MTC-00005501
Miudling, Sebastian | 0001 | MTC-00023598
mizelles | 0001 | MTC-00021377
Mizner, Alfred | 0001 | MTC-00008250
Mizrahi, Edwin | 0001 | MTC-00005247
Mizvkami, Tony | 0001 | MTC-00019807
MJ | 0001 | MTC-00024900
mjacobs@ microsoft.com | 0001 | MTC-00024828
mjenks@ anysott.com | 0001 | MTC-00024263
MJGLeo@ aol.com | 0001 | MTC-00007510
Mlanders@ triad.rr.com | 0001 | MTC-00028203
Mlorelan, Rick | 0001 | MTC-00000981
MLV240z@ aol.com | 0001 | MTC-00008059
MM | 0001 | MTC-00015962
mmcbee@ hotmail.com | 0001 | MTC-00014338
mmerkel@ adelphi.net | 0001 | MTC-00021957
mmerkel@ adelphi.net | 0001 | MTC-00021956
MMorias@ aol.com | 0001 | MTC-00010803
MNM Millman | 0001 | MTC-00002764
Moats, Richard | 0002 | MTC-00032687
Moberger, Ann | 0001 | MTC-00013175
Moberly, Bill | 0002 | MTC-00030015
Mobilio, Mark J. | 0001 | MTC-00031434
Mobley, Hugh | 0002 | MTC-00027382
Mocenigo, John | 0002 | MTC-00010200
Mock, Makinzi | 0001 | MTC-00010030
Mockett, Robin | 0001 | MTC-00008590
Modell, Matt | 0001 | MTC-00012520
Modernbingo | 0001 | MTC-00022805
Modesty, Geri | 0001 | MTC-00023657
Modrell, Geri and Bob | 0001 | MTC-00032562
Modun, Gary A. | 0001 | MTC-00023760
Moe, James M. | 0002 | MTC-00024450
Moe, Larry | 0001 | MTC-00006922
Moe, Larry | 0001 | MTC-00012823
Moe, Marge | 0001 | MTC-00000627
Moe, Marge | 0001 | MTC-00012068
Moe, Rick | 0001 | MTC-00006531
Moeckel, Robert | 0001 | MTC-00021159
Moehle, Melvin O. | 0001 | MTC-00008496
Moehle, Stephen | 0001 | MTC-00017070
Moeller, Karl | 0001 | MTC-00018582
Moeller, Mark | 0001 | MTC-00023949
Moeller, Robert | 0001 | MTC-00032775
Moeller, Robert | 0001 | MTC-00009403
Moenel, Tom | 0003 | MTC-00030376
Moerke, Joan | 0001 | MTC-00021365
Moestl, Sylvia | 0001 | MTC-00012810
Moffatt, Gary | 0001 | MTC-00024095
Moffel, K.V. | 0001 | MTC-00016991
Moffet, Scott | 0001 | MTC-00019953
Moffitt, Garret J | 0001 | MTC-00017439
Mofidi, Kaveh | 0001 | MTC-00032362
Mofish | 0001 | MTC-00028401
Mogensen, Peter | 0004 | MTC-00026863
Moghab, Mark | 0002 | MTC-00033672
Moglen, Eben | 0005 | MTC-00027626
Moglewer, Sidney | 0001 | MTC-00004291
Moh Dave Contr WRAL/LYSBD | 0001 | MTC-00027610
Mohammed, Riad | 0001 | MTC-00020106
Mohlenbrok, Gerald | 0001 | MTC-00007109
Mohler, Bruce | 0001 | MTC-00000427
Mohler, Bruce | 0001 | MTC-00017351
Mohnkenn, Jeff | 0001 | MTC-00020028
Mohnkern, Kathy | 0001 | MTC-00010073
Mohr, Alexey | 0001 | MTC-00020154
Mohr, Andreas | 0001 | MTC-00014845
Mohr, Michael | 0002 | MTC-00004623
Mohrmann, Jerinda F. | 0001 | MTC-00031169
Mohrmann, John E. | 0001 | MTC-00030721
Moixe, John | 0003 | MTC-00008431
Mok, Kin-Yip | 0001 | MTC-00026767
Molanphy, David A. | 0001 | MTC-00013434
Molay, Bruce | 0002 | MTC-00010161
Moldawsky, Marek | 0001 | MTC-00030902
Molen, Richard | 0002 | MTC-00000036
Moles, Al and Zeda | 0001 | MTC-00020810
Molianen, Mikko | 0001 | MTC-00003987
Molina, Raphael | 0001 | MTC-00024597
Molinari, Nichoals S. | 0002 | MTC-00006593
Molinari, Nicholas | 0001 | MTC-00009664
Moline, Christopher and Sharon | 0001 | MTC-00030473
molituo@ aol.com | 0002 | MTC-00025496
Moll, Drew | 0001 | MTC-00013646
Moll, Michael C. | 0002 | MTC-00005602
Mollerus, Tom | 0001 | MTC-00020115
Molpus, Richard | 0006 | MTC-00019910
Monaco, Vincent | 0001 | MTC-00014832
Monaghan, Timothy | 0001 | MTC-00019548
Monahan, David | 0001 | MTC-00020526
Monahan, John | 0001 | MTC-00004694
Monahan, Pat | 0001 | MTC-00006641
Monaslo, Michael | 0001 | MTC-00015660
Moncrieff, Eric | 0001 | MTC-00016377
Monczik, Paul | 0002 | MTC-00009648
Monde | 0001 | MTC-00011622
Mondillo, Ron | 0001 | MTC-00007968
Monelle, Joseph | 0002 | MTC-00029994
Moneta, Mace | 0001 | MTC-00014935
Monette, Mark | 0001 | MTC-00008803
monette@ freeway.net | 0001 | MTC-00028602
Monetu, Carlo | 0002 | MTC-00003175
Mongardi, Grant | 0002 | MTC-00004532
Monk, Don | 0002 | MTC-00027965
monkeyjr@ purdue.edu | 0001 | MTC-00028721
Monks, Jeffrey | 0002 | MTC-00009818
Monley, Rita and Richard | 0001 | MTC-00011229
Monroe, Carl | 0001 | MTC-00024093
Monroe, Charles | 0001 | MTC-00020925
Monroe, Clay | 0001 | MTC-00004785
Monroe, Elfie | 0001 | MTC-00007097
Monsees, James | 0001 | MTC-00028882
Monson, Carl | 0002 | MTC-00032041
Monson, Paul | 0001 | MTC-00007657
Monson, Paul E. | 0001 | MTC-00007677
Montalio, Don | 0001 | MTC-00003773
Montalvo, Don | 0001 | MTC-00014247
Montefrio, Arnie | 0001 | MTC-00011225
Montefrio, Gladys | 0001 | MTC-00028331
Montefrio, Justin | 0002 | MTC-00011221
Montefrio, Vhon | 0002 | MTC-00032596
Monteith, Barbara | 0001 | MTC-00023103
Montesi, Rosemary | 0001 | MTC-00008305
Montez, Jerome | 0001 | MTC-00007635
Montgano, Justin | 0001 | MTC-00027566
Montgomery, Bill | 0001 | MTC-00003376
Montgomery, George C. | 0001 | MTC-00005614
Montgomery, Karina | 0001 | MTC-00028386
Montgomery, Mark A. | 0002 | MTC-00027963
Montgomery, Pat | 0001 | MTC-00000144
Montgomery, Pat | 0001 | MTC-00032248
Montgomery, R.G. | 0001 | MTC-00009410
Montgomery, Richard | 0001 | MTC-00006417
Montgomery, Robert | 0001 | MTC-00011867
Montgomery, Robert | 0001 | MTC-00013662
Montgomery, Robert | 0002 | MTC-00033217
Montgomery-Smith, Stephen | 0002 | MTC-00023919
Montgomery< sue | 0001 | MTC-00003270
Montrose, Marianne | 0001 | MTC-00012114
Montross, Dale | 0001 | MTC-00013654
Montuoro, Frank | 0001 | MTC-00007228
Montuoro, Frank | 0001 | MTC-00007249
Monty, King | 0001 | MTC-00024002
Montz, Lori | 0006 | MTC-00004588
Montz, Michael | 0001 | MTC-00023102
Moody, Bryan | 0001 | MTC-00024842
Moon, Dennis | 0001 | MTC-00027059
Moon, John | 0002 | MTC-00029397
Moon, Luther | 0003 | MTC-00014411
Moon, Luther | 0002 | MTC-00006380
Moon, Peter | 0002 | MTC-00032288
Moon, Phil | 0001 | MTC-00024118
Moon, Sean | 0001 | MTC-00000472
Moone, Bidwell | 0001 | MTC-00021558
Moone, Jane | 0002 | MTC-00032146
Mooney, Jim | 0002 | MTC-00024893
Mooney, Micheal D. | 0001 | MTC-00017957
moonlitstars@ prodigy.net | 0001 | MTC-00010388
Moore | 0001 | MTC-00030128
Moore, Adele | 0001 | MTC-00017156
Moore, Adrian | 0010 | MTC-00031894
Moore, Allison | 0002 | MTC-00033095
Moore, Bidwell | 0001 | MTC-00011956
Moore, Bob | 0001 | MTC-00029569
Moore, Brendan | 0001 | MTC-00004740
Moore, Brian | 0001 | MTC-00016146
Moore, Bruce | 0001 | MTC-00004460
Moore, Cameron | 0001 | MTC-00022028
Moore, Chip | 0001 | MTC-00022013
Moore, Chris | 0002 | MTC-00000961
Moore, Dan | 0001 | MTC-00004484
Moore, Dan | 0002 | MTC-00015699
Moore, Dave | 0001 | MTC-00005272
Moore, Dave | 0001 | MTC-00014204
Moore, Dean | 0001 | MTC-00003762
Moore, Dean | 0001 | MTC-00005349
Moore, Donald | 0001 | MTC-00019873
Moore, Douglas | 0001 | MTC-00018150
Moore, Eli Kae | 0001 | MTC-00003940
Moore, Eric | 0001 | MTC-00018881
Moore, Frank | 0002 | MTC-00000157
Moore, George B. | 0001 | MTC-00006219
Moore, GIlda | 0001 | MTC-00029122
Moore, Glen | 0001 | MTC-00023731
Moore, Greg | 0001 | MTC-00020251
Moore, Harry | 0002 | MTC-00033509
Moore, J. W. | 0001 | MTC-00008764
Moore, Jack C. | 0001 | MTC-00008315
Moore, Jeff | 0001 | MTC-00003834
Moore, Jerry | 0001 | MTC-00030777
Moore, John | 0001 | MTC-00012182
Moore, Juanito | 0001 | MTC-00026436
Moore, Keith | 0005 | MTC-00028792
Moore, Kenneth E. | 0001 | MTC-00024438
Moore, Kevin | 0002 | MTC-00026215
Moore, Kevin | 0001 | MTC-00009978
Moore, Kevin | 0001 | MTC-00025026
Moore, LaDon | 0001 | MTC-00023842
Moore, Lataline | 0001 | MTC-00014792
Moore, Leon | 0001 | MTC-00025608
Moore, Lisa | 0001 | MTC-00010995
Moore, Louis and Billmyer, Joanna | 0004 | MTC-00014439
Moore, Mairlyn H. | 0001 | MTC-00007470
Moore, Marshall | 0002 | MTC-00011018
Moore, Michael | 0001 | MTC-00012231
Moore, Michael | 0001 | MTC-00011917
Moore, Mike | 0001 | MTC-00013350
Moore, Richard | 0002 | MTC-00023914
Moore, Rick | 0001 | MTC-00032788
Moore, Rick | 0001 | MTC-00003655
Moore, Rick | 0001 | MTC-00028643
Moore, Rick E. | 0001 | MTC-00000359
Moore, Robert | 0001 | MTC-00032796
Moore, Robert W. | 0001 | MTC-00024908
Moore, Ronald | 0001 | MTC-00031588
Moore, Ronald T. | 0001 | MTC-00006492
Moore, Scott | 0001 | MTC-00014480
Moore, Sean | 0001 | MTC-00023503
Moore, Steve | 0001 | MTC-00011046
Moore, Steven | 0001 | MTC-00021203
Moore, Susan Church | 0001 | MTC-00009221
Moore, Terrence | 0001 | MTC-00012254
Moore, Terry | 0001 | MTC-00011487
Moore, Timothy D. | 0002 | MTC-00023905
Moore, Tom | 0001 | MTC-00011520
Moore, Tom | 0001 | MTC-00004415
Moore, V. S. | 0001 | MTC-00001882
Moore, V.S. | 0001 | MTC-00001513
Moore, Velma | 0001 | MTC-00009482
Moore, William | 0002 | MTC-00029955
Moore, William B. | 0001 | MTC-00010731
Moore, William R. | 0001 | MTC-00005075
Moore- Read, Terry | 0001 | MTC-00000034
Moorman, Margaret | 0001 | MTC-00023470
Moorman, Margaret | 0001 | MTC-00032677
Moors, Norman | 0001 | MTC-00012966
Moose, Mike | 0001 | MTC-00017182
Mora, Shelley | 0002 | MTC-00021531
Moraff, Donna | 0001 | MTC-00014109
Moraff, Paul | 0001 | MTC-00010412
Morales | 0001 | MTC-00007749
Morales, Alejandro | 0001 | MTC-00015686
Morales, Frank | 0001 | MTC-00021527
Morales, Gabriel | 0001 | MTC-00019573
Morales, Javier | 0001 | MTC-00013594
Morales, John | 0001 | MTC-00020922
Morales, Santiago | 0002 | MTC-00029733
Morales, Sarah | 0001 | MTC-00012350
Moran, Brenda A. | 0002 | MTC-00033072
Moran, Donald F. | 0001 | MTC-00006694
Moran, Douglas B. | 0001 | MTC-00002894
Moran, Jay | 0002 | MTC-00004236
Moran, Mark | 0001 | MTC-00028365
Moran, Michael A. | 0001 | MTC-00024440
Moran, Phyllis | 0001 | MTC-00022293
Moran, R. J. | 0001 | MTC-00003945
Moran, Richard | 0001 | MTC-00021337
Moran, Robert | 0001 | MTC-00009316
Morando, Alex | 0002 | MTC-00019578
Morano, George G. | 0001 | MTC-00007367
Morarji, Nikesh J. | 0001 | MTC-00027360
Morceno, Frank | 0001 | MTC-00025469
Morcos, Alex | 0001 | MTC-00024868
morcos@ hotmail.com | 0001 | MTC-00024829
Moreau, Ken | 0001 | MTC-00001058
Morehead, Nancy | 0002 | MTC-00009434
Morehouse, Craig | 0001 | MTC-00010954
Moreland, Earl | 0001 | MTC-00011962
Morelli-Parvizi, Kathleen | 0001 | MTC-00022924
Morello, Frank | 0001 | MTC-00006906
Morelock, Philip | 0001 | MTC-00012508
Moreno, Guillermo | 0003 | MTC-00001992
Moreno, Jerry | 0001 | MTC-00002568
Moreno, Walt | 0001 | MTC-00033046
Moresi, Jim | 0001 | MTC-00003263
Moresi, Peter | 0002 | MTC-00003440
Moretti, Frank | 0001 | MTC-00033019
Morfee, Donald | 0001 | MTC-00031297
MOrgan Jr., Wallis J. | 0001 | MTC-00011269
Morgan, Matthew | 0001 | MTC-00019690
Morgan, Alex | 0007 | MTC-00019352
Morgan, Andrew | 0002 | MTC-00003770
Morgan, Bill and Sue | 0001 | MTC-00029014
Morgan, Bruce | 0001 | MTC-00028557
Morgan, Clark | 0002 | MTC-00023940
Morgan, David | 0001 | MTC-00029863
Morgan, Eleanor J. | 0001 | MTC-00004768
Morgan, Ginny | 0001 | MTC-00002301
Morgan, H. Jack | 0001 | MTC-00009995
Morgan, Harold | 0001 | MTC-00024938
Morgan, James | 0001 | MTC-00021068
Morgan, James, J. | 0001 | MTC-00007867
Morgan, Jeremy | 0002 | MTC-00004237
Morgan, Jesse L. | 0002 | MTC-00015003
Morgan, Jonathan | 0001 | MTC-00003592
Morgan, Kathy | 0002 | MTC-00026937
Morgan, Kerry | 0001 | MTC-00021545
Morgan, Kevin | 0001 | MTC-00020169
Morgan, Leona | 0002 | MTC-00033059
Morgan, Neil & Debbie | 0001 | MTC-00008377
Morgan, Richard | 0001 | MTC-00008807
Morgan, Robert | 0001 | MTC-00001952
Morgan, Scott | 0001 | MTC-00015036
Morgan, Sue and Bill | 0001 | MTC-00021932
Morgan, Tim | 0001 | MTC-00002456
Morgan, Travis | 0001 | MTC-00024500
Morgan, Wes | 0001 | MTC-00019599
Morgwyn@ willmar.com | 0001 | MTC-00010859
moriarty, Don | 0001 | MTC-00025478
Morillo, Ryan | 0001 | MTC-00005058
Morin, Claudia | 0001 | MTC-00030237
Morin, Duane | 0002 | MTC-00000589
Morin, Edward G. | 0002 | MTC-00032165
Morin, Mary | 0002 | MTC-00033047
Morin, Rich | 0001 | MTC-00017526
Morin, Steve | 0001 | MTC-00003683
Morley, Maul | 0001 | MTC-00025894
Morley, Robert A. | 0001 | MTC-00000623
Morlino, Marc | 0001 | MTC-00024337
Mormardo, Mike | 0001 | MTC-00000987
Morneau, Gregory | 0001 | MTC-00012355
Mornig, Douglas | 0001 | MTC-00022313
Morning, Carla | 0001 | MTC-00011612
Morningstar, Denise | 0001 | MTC-00022408
Morningstar, Denise | 0001 | MTC-00009539
Morningstar, Jason | 0002 | MTC-00015240
Morningstar, Scott | 0002 | MTC-00020157
Morod, Karen | 0002 | MTC-00017660
Morotti, John | 0001 | MTC-00014248
Morow, David L. | 0001 | MTC-00015057
Morphonios, Jake | 0001 | MTC-00026854
Morphy, James D. | 0002 | MTC-00030862
Morrell, Carol | 0001 | MTC-00028014
Morrell, Carol | 0001 | MTC-00028015
Morrello, Peter J. | 0001 | MTC-00032028
Morrey, Jeff Todd | 0003 | MTC-00015695
morrieab | 0001 | MTC-00021392
Morrill, Jim | 0001 | MTC-00029681
Morrin, Priscilla H. | 0001 | MTC-00026704
Morris, Adam and Christie | 0001 | MTC-00017489
Morris, Andrew | 0001 | MTC-00003693
Morris, Bridget | 0001 | MTC-00020857
Morris, Cebron | 0001 | MTC-00007157
Morris, Chris | 0001 | MTC-00003486
Morris, Clay | 0002 | MTC-00031154
Morris, Connie | 0001 | MTC-00029958
Morris, Edward A. | 0001 | MTC-00006840
Morris, Elizabeth | 0001 | MTC-00008344
Morris, James | 0001 | MTC-00019948
Morris, John R. | 0001 | MTC-00028376
Morris, Jonathan | 0001 | MTC-00017435
Morris, Joseph | 0001 | MTC-00005166
Morris, Judy | 0001 | MTC-00005429
Morris, Keith A. | 0001 | MTC-00020305
Morris, Mary | 0001 | MTC-00033594
Morris, Michael | 0001 | MTC-00017586
Morris, Michael | 0001 | MTC-00011145
Morris, Mitchell | 0001 | MTC-00027640
Morris, Nathans | 0001 | MTC-00028101
Morris, Perry | 0001 | MTC-00011245
Morris, Reesa | 0001 | MTC-00002598
Morris, Rex | 0001 | MTC-00029380
Morris, Richard | 0001 | MTC-00014412
Morris, Ricky | 0001 | MTC-00008190
Morris, Robert | 0002 | MTC-00016615
Morris, Ron | 0001 | MTC-00003292
Morris, Tai | 0001 | MTC-00013374
Morris, Tom | 0001 | MTC-00031010
Morris, William | 0001 | MTC-00020441
Morrisey, Andrew | 0002 | MTC-00026076
Morrisey, Thomas | 0001 | MTC-00014182
Morrison, Christoher Sean | 0002 | MTC-00023002
Morrison, Genie | 0001 | MTC-00011547
Morrison, Gerald | 0001 | MTC-00012490
Morrison, John | 0001 | MTC-00012639
Morrison, John | 0002 | MTC-00000725
Morrison, John | 0003 | MTC-00021566
Morrison, Kent | 0001 | MTC-00003871
Morrisona, Geoff | 0001 | MTC-00012055
Morrissey, David | 0003 | MTC-00004525
Morro, Ray | 0001 | MTC-00023569
Morrow, Bill | 0001 | MTC-00020993
Morrow, Grant | 0001 | MTC-00003692
Morrow, John and Jean | 0001 | MTC-00012369
Morrow, John and Jean Anne | 0001 | MTC-00020982
Morrow, Lee | 0001 | MTC-00007920
Morrow, Nick | 0001 | MTC-00004593
Morrow, Nicky | 0001 | MTC-00003307
Morrow, Nicky | 0001 | MTC-00000285
Morrow, Randy | 0001 | MTC-00015117
Morrow, Randy | 0001 | MTC-00003084
Morse, Ben | 0001 | MTC-00017429
Morse, Cindy | 0001 | MTC-00005226
Morse, Joe | 0002 | MTC-00004972
Morse, Leonard and Marge | 0001 | MTC-00027552
Morse, Matt | 0001 | MTC-00017875
Morse, Roger | 0002 | MTC-00013987
Morss, Charlie | 0001 | MTC-00017995
Morss, Charlie | 0001 | MTC-00000137
Morss, Charlie | 0001 | MTC-00017994
Morss, James | 0001 | MTC-00008087
Mortensen, Alan | 0001 | MTC-00019408
Mortensen, John and Dorothy | 0001 | MTC-00022356
Mortenson, Marvin | 0001 | MTC-00005826
MOrtezavi, Kamran | 0001 | MTC-00011550
Mortgagelender@ att.net | 0001 | MTC-00006328
Morton, Brian | 0001 | MTC-00024836
Morton, Brian Wendell | 0002 | MTC-00026186
Morton, Karyn | 0001 | MTC-00021620
Morton, Karyn | 0001 | MTC-00032001
Morton, Mark | 0001 | MTC-00002714
Morton, Mark | 0001 | MTC-00002900
Morton, Robert | 0001 | MTC-00001153
Moruillier, Francois | 0001 | MTC-00015228
Mos, J. | 0001 | MTC-00000702
Moseley, David | 0001 | MTC-00026072
Moseley, Mary | 0001 | MTC-00025942
Mosendale, Dan | 0001 | MTC-00029142
Moser, Benjamin | 0001 | MTC-00024544
Moser, Evelyn | 0001 | MTC-00009774
Moser, Jeffrey R. | 0001 | MTC-00007526
Moser, RJ | 0001 | MTC-00000054
Moser, Sanford | 0001 | MTC-00028084
Moses, Mike | 0001 | MTC-00011037
Moses, Richard | 0001 | MTC-00021145
Mosesso, Frank | 0001 | MTC-00013321
Mosher, Jim | 0001 | MTC-00011512
Mosher, Phillip David | 0001 | MTC-00010069
Mosimann, James | 0001 | MTC-00005520
Moskin, Lord | 0001 | MTC-00017892
Moskowitz, Ken | 0001 | MTC-00002804
Moss, David | 0001 | MTC-00013553
Moss, J. Daniel | 0001 | MTC-00029309
Moss, James | 0001 | MTC-00022341
Moss, Mark | 0002 | MTC-00014159
Moss, Martin | 0001 | MTC-00017817
Moss, Peter B. | 0001 | MTC-00006804
Moss, Richard | 0001 | MTC-00032901
Moss, Robert | 0001 | MTC-00023716
Moss, William | 0001 | MTC-00027365
mossafer@ 02.net | 0001 | MTC-00015991
Mossberg, Andrew E. | 0001 | MTC-00029083
Mostetler, Ronald E. | 0001 | MTC-00014205
motelman@ aol.com | 0001 | MTC-00008004
MOtisi, Rosemary | 0001 | MTC-00028953
Motley, Matthew | 0001 | MTC-00024860
MotoFuji, Richard | 0002 | MTC-00013711
Mott, David | 0001 | MTC-00028981
Mott, Jason | 0002 | MTC-00003829
Motwani, Rajesh | 0001 | MTC-00003570
Motyka, Michael | 0001 | MTC-00011375
Motze, Virginia | 0002 | MTC-00026808
Motzenbecker, Paul D. | 0001 | MTC-00001182
Mouassaghi, Eric | 0001 | MTC-00029966
Moudakis, Nick | 0001 | MTC-00001875
Mouilleseaux, Jean-Pierre | 0001 | MTC-00026116
Moulds, Lee | 0001 | MTC-00008336
Moultray, Josh | 0001 | MTC-00005782
Mounce, Rev. Bill and Shandy | 0001 | MTC-00007720
Mouncer, Eugene | 0001 | MTC-00032939
Mounsey, Peter | 0001 | MTC-00007123
Mountain, Roper | 0001 | MTC-00004300
Mountz, Wade | 0002 | MTC-00032301
Mountz, Wade | 0002 | MTC-00033617
Moureau, Stephanie | 0003 | MTC-00001047
Mowny, Patrice | 0001 | MTC-00016644
Mowpeader, Jim | 0008 | MTC-00020909
Mowrey, James | 0001 | MTC-00020171
Moxcey, Mike | 0001 | MTC-00003302
Moxley, Paul T. | 0002 | MTC-00030022
Moya, Andres | 0001 | MTC-00015457
Moya, Fabiano | 0001 | MTC-00032391
Moya, Fabiano | 0001 | MTC-00008995
Moyano, Matias | 0002 | MTC-00007695
Moyano, Matias | 0001 | MTC-00005062
Moyano, Matias | 0001 | MTC-00013531
Moyer, Ross | 0001 | MTC-00021364
Moyse, Biran | 0001 | MTC-00003027
Mozzerrolli, Bev | 0001 | MTC-00015791
mqabar@ molemetrics.com | 0001 | MTC-00014333
Mr. Alcourt | 0001 | MTC-00019697
Mr. Bleakley | 0001 | MTC-00011259
Mr. Dan | 0001 | MTC-00009333
Mr. SJB | 0001 | MTC-00010112
Mr. Theoden | 0001 | MTC-00003080
Mrappeal@ cwnet.com | 0001 | MTC-00010422
mrcpu@ ntemail.internetcos.com | 0001 | MTC-00019084
mrdubridge@ hotmail.com | 0001 | MTC-00028615
Mrmaced@ aol.com | 0001 | MTC-00002047
mrmaeman23 | 0001 | MTC-00025555
Mroczkowski, Andy | 0001 | MTC-00016820
Mruczkowski, Ted | 0001 | MTC-00014009
MS Settlement | 0001 | MTC-00024589
MSGEE@ aol.com | 0001 | MTC-00007397
mshomphe@ acm.org | 0001 | MTC-00024231
MsLillieB@ aol.com | 0001 | MTC-00005965
MSN | 0001 | MTC-00004332
msquires@ aol.com | 0001 | MTC-00027311
mstipicevic | 0001 | MTC-00022461
mstrayer@ mw.sisna.com | 0001 | MTC-00010927
Msukamouse@ aol.com | 0001 | MTC-00021960
Msuty, Michael | 0001 | MTC-00025291
mtdrainfo@ yahoo.com | 0001 | MTC-00010461
mtroslei | 0001 | MTC-00021376
Mturyn@ world.std.com | 0001 | MTC-00000131
Muccianti, Frank | 0002 | MTC-00033140
Muccigrosso, John | 0001 | MTC-00024113
Much, Kathleen | 0001 | MTC-00016958
Mucha, Alex | 0001 | MTC-00019530
Muchnick, Stuart | 0001 | MTC-00029704
Muckey, Sheri | 0001 | MTC-00020367
Muckleroy, John | 0001 | MTC-00010807
Mudge, John T. | 0001 | MTC-00009783
Mueller, Andrew | 0001 | MTC-00020861
Mueller, Bill | 0001 | MTC-00026299
Mueller, Carl | 0001 | MTC-00015759
Mueller, Edward J. | 0001 | MTC-00007747
Mueller, Kirk | 0001 | MTC-00013693
Mueller, Paul | 0001 | MTC-00026244
Mueller, Steve | 0001 | MTC-00029183
Mugar, H. | 0001 | MTC-00025087
Mugar, Paul | 0001 | MTC-00019675
Mugar, Paul | 0002 | MTC-00025133
Muguira, James | 0001 | MTC-00017568
Muhammed, Hasan | 0001 | MTC-00018111
Muhlenberg, Fred | 0001 | MTC-00021901
Muine, Forrest | 0001 | MTC-00029581
Muine, Forrest H. | 0001 | MTC-00029964
Muir, Douglas | 0002 | MTC-00003185
Muir, James | 0001 | MTC-00005689
Muksus@ aol.com | 0002 | MTC-00012928
Mulcahy, Judith | 0001 | MTC-00032597
Mulder, Stan | 0001 | MTC-00017816
Muldoon, Mike | 0002 | MTC-00004538
Mulett, Raymond | 0001 | MTC-00014217
Mulhall | 0002 | MTC-00023918
Mulhall, John | 0001 | MTC-00022905
Mulhall, John | 0002 | MTC-00032402
Mulhall, John | 0001 | MTC-00030257
Mulhern, Anne | 0001 | MTC-00032625
Mulhern, Vin | 0001 | MTC-00032586
Mulholland, Jerry E. | 0001 | MTC-00002530
Mull, Larry | 0001 | MTC-00027836
Mullan, Roger | 0001 | MTC-00027928
Mullaney, Ed | 0001 | MTC-00003304
Mullen, Anthony | 0001 | MTC-00026726
Mullen, Jeff | 0001 | MTC-00019554
Mullen, Rudolph | 0001 | MTC-00031216
Mullenix, Lonnie | 0001 | MTC-00000319
Muller, David | 0001 | MTC-00025224
Muller, Martin | 0001 | MTC-00003111
Muller, Max | 0001 | MTC-00019332
Muller, Rick | 0001 | MTC-00003421
Muller, Thomas | 0001 | MTC-00009266
Mulligan, Carolyn | 0001 | MTC-00021215
Mulligan, Kate | 0001 | MTC-00032824
Mulligan, Kyan | 0001 | MTC-00018777
Mullin, Henry | 0001 | MTC-00010970
Mullinger, Ralph | 0001 | MTC-00014430
Mullins, Daphanie | 0001 | MTC-00004309
Mullins, Daphanie M. | 0002 | MTC-00004305
Mullins, Daphanie M. | 0001 | MTC-00004407
Mullins, James | 0001 | MTC-00023580
Mullins, James R. | 0001 | MTC-00030848
Mullins, Tom Lee | 0001 | MTC-00023255
Mulloy, Mary | 0002 | MTC-00033523
Mulray, Martha | 0002 | MTC-00029894
Mumey, Sol | 0001 | MTC-00002434
Mumley, Robert | 0001 | MTC-00020924
Mumm, Greg | 0003 | MTC-00004855
mumsy37@ aol.com | 0001 | MTC-00000617
MUmsy37@ aol.com | 0001 | MTC-00028922
Munafo, Robert | 0001 | MTC-00026566
Mundahl, Patricia | 0001 | MTC-00019457
Mundinger, Shirley R. | 0001 | MTC-00029159
Mundkur, Prashanth | 0004 | MTC-00024421
Mundt, John P. | 0001 | MTC-00001028
Mundwiller, Richard | 0001 | MTC-00026703
Mundy, Bill | 0002 | MTC-00026876
Mundy, Jim | 0001 | MTC-00026546
Munevan, Alvero | 0002 | MTC-00030625
Munger, Stan | 0001 | MTC-00000829
Mungle, Steven | 0001 | MTC-00022044
Munier, Ron | 0001 | MTC-00025904
Muniz, Daniel | 0001 | MTC-00002172
Munn, Dwight | 0001 | MTC-00023055
Munn, John R. | 0001 | MTC-00010259
MUNNEKE3@ aol.com | 0001 | MTC-00008856
Munoz, Dorothy G. | 0001 | MTC-00026685
Munro Jr, James | 0001 | MTC-00005791
Munro, Robert | 0002 | MTC-00029413
Munsat, Elizabeth | 0001 | MTC-00027678
Munsell, Mark G. | 0001 | MTC-00028403
Munsinger, Doug | 0002 | MTC-00005020
Munson, Jane | 0001 | MTC-00008367
Muoio, Donna | 0001 | MTC-00022230
Mupi, John | 0001 | MTC-00000763
Muppalla, Vasu | 0001 | MTC-00003528
Muraki, Doug | 0001 | MTC-00030841
Muraro, Leo | 0002 | MTC-00018845
Murase, Morio | 0001 | MTC-00020316
Murawski, Robert K. | 0001 | MTC-00024502
Murch, A. Douglas | 0002 | MTC-00024543
Murchie, Colin | 0001 | MTC-00003647
Murchison, John | 0001 | MTC-00001662
Murchy, Richard | 0001 | MTC-00028399
Murdach, David | 0001 | MTC-00007383
Murdick, Scott | 0001 | MTC-00003142
Murdoch, Lee | 0001 | MTC-00026061
Murdoch-Kitt, Jonathan | 0001 | MTC-00008369
Murdock, Chloe | 0001 | MTC-00008835
Murdock, Chloe | 0001 | MTC-00033344
Murdock, Dan | 0001 | MTC-00004333
Murdock, Margaret | 0001 | MTC-00008069
Murdock, Rich | 0001 | MTC-00004756
Murghart, John | 0001 | MTC-00033224
Murhammer, Fred | 0001 | MTC-00028304
Murphree, Frank | 0002 | MTC-00028912
Murphree, Patrick D. | 0001 | MTC-00010894
Murphree, Robin | 0001 | MTC-00012645
Murphy, Brian | 0001 | MTC-00001970
Murphy, Bruce | 0002 | MTC-00021178
Murphy, C. R. | 0001 | MTC-00002327
Murphy, Clayton | 0001 | MTC-00006429
Murphy, Colin | 0001 | MTC-00022005
Murphy, D. Landis | 0001 | MTC-00023817
Murphy, D. Laudis | 0001 | MTC-00029479
Murphy, Duane | 0001 | MTC-00002271
Murphy, Duncan | 0001 | MTC-00015559
Murphy, Edward J. | 0001 | MTC-00006979
Murphy, Gary | 0001 | MTC-00003533
Murphy, Hillary | 0001 | MTC-00032773
Murphy, James | 0002 | MTC-00032167
Murphy, James T. | 0001 | MTC-00008697
Murphy, Janice | 0002 | MTC-00032180
Murphy, Jeannene | 0001 | MTC-00028626
Murphy, Jim | 0001 | MTC-00025856
Murphy, John | 0001 | MTC-00023186
Murphy, John | 0001 | MTC-00014406
Murphy, John | 0001 | MTC-00020166
Murphy, John | 0001 | MTC-00007072
Murphy, John | 0001 | MTC-00010853
Murphy, John and MaryEllen | 0001 | MTC-00007589
Murphy, Joseph | 0001 | MTC-00020370
Murphy, Kevin | 0001 | MTC-00009223
Murphy, Lila | 0001 | MTC-00012402
Murphy, Lila | 0001 | MTC-00023639
Murphy, Mark | 0001 | MTC-00007521
Murphy, Nicholas | 0001 | MTC-00020406
Murphy, Robert | 0001 | MTC-00023820
Murphy, Robert | 0001 | MTC-00033339
Murphy, tom | 0001 | MTC-00018924
Murphy, Tom | 0003 | MTC-00027032
Murphy, Tricia | 0001 | MTC-00023822
Murphy, Tricia | 0001 | MTC-00033340
Murpy, D. Landis | 0001 | MTC-00033338
Murray, Alan and Tamara | 0001 | MTC-00001341
Murray, Bill | 0002 | MTC-00017740
Murray, Bruce G. | 0001 | MTC-00005183
Murray, David | 0001 | MTC-00004940
Murray, Eric | 0001 | MTC-00000100
Murray, Eric | 0001 | MTC-00017099
Murray, Eric | 0001 | MTC-00022996
Murray, Francis | 0002 | MTC-00033472
Murray, Frank | 0001 | MTC-00012230
Murray, Geoff | 0001 | MTC-00026470
Murray, Gleen | 0001 | MTC-00032869
Murray, Glenn | 0002 | MTC-00004824
Murray, J. | 0001 | MTC-00007594
Murray, Jeanne | 0001 | MTC-00008359
Murray, Joanne | 0001 | MTC-00013526
Murray, Joe | 0001 | MTC-00012594
Murray, Judith | 0001 | MTC-00032584
Murray, Keith | 0001 | MTC-00030348
Murray, Marie | 0001 | MTC-00026561
Murray, Muriel | 0001 | MTC-00031273
Murray, Paul | 0002 | MTC-00019867
Murray, Renee and Cameron T. | 0001 | MTC-00001934
Murray, Trish | 0001 | MTC-00010146
Murray, Tyson | 0001 | MTC-00029150
Murray, William E. | 0001 | MTC-00001003
Murrell, Charles | 0001 | MTC-00010597
Murrell, Fred | 0001 | MTC-00008417
Murren, Andy | 0002 | MTC-00014957
mursolo@ hotmail.com | 0001 | MTC-00024766
Murteza, MIchele | 0001 | MTC-00003599
Murtha, Damian | 0001 | MTC-00000341
Murtha, Steve | 0001 | MTC-00016600
Murty, Krishna | 0002 | MTC-00009141
Musacchio, Rose | 0001 | MTC-00028346
Musci, Ricky | 0001 | MTC-00016978
Muse, Charlotte | 0001 | MTC-00028469
Muse, Dave | 0002 | MTC-00004578
Muse, Jeff | 0002 | MTC-00004917
Muse, Johnnie | 0001 | MTC-00024592
Musgrove, Earl T. | 0001 | MTC-00007596
Muson, Ronald Earl | 0001 | MTC-00030730
Mussatto, William | 0002 | MTC-00018114
Musselwhite, Jason | 0001 | MTC-00014435
Musson, Timothy A. | 0001 | MTC-00024507
Mustin, Carolyn | 0001 | MTC-00006412
Muth, Clarence J. | 0001 | MTC-00007758
Muth, Harlan | 0001 | MTC-00020240
mutka—ron@ msn.com | 0001 | MTC-00028241
Mutter, Brad | 0003 | MTC-00027556
Muxlow, Jason | 0001 | MTC-00013869
Muzhuthettu, Joy | 0001 | MTC-00009137
Muzyka, Kie | 0001 | MTC-00000261
Muzzi, Matthew | 0001 | MTC-00015693
Muzzolillo, Jared | 0001 | MTC-00033058
MWC | 0001 | MTC-00010491
mwylie@ abccentralflorida.org | 0001 | MTC-00014589
Mycroft, Rich | 0002 | MTC-00004278
Mycroft, Richard | 0001 | MTC-00004903
Myer, David E. | 0001 | MTC-00009254
Myer, Gerald | 0001 | MTC-00021734
Myers, Adam | 0001 | MTC-00025807
Myers, Ann Mary | 0001 | MTC-00029348
Myers, Anthony | 0002 | MTC-00014609
Myers, Austin | 0002 | MTC-00003506
Myers, Brad | 0002 | MTC-00016815
Myers, Chad | 0001 | MTC-00011039
Myers, Charles | 0001 | MTC-00025049
Myers, Claude | 0001 | MTC-00031013
Myers, Dennis | 0001 | MTC-00008981
Myers, Doyle | 0002 | MTC-00000403
Myers, Gary | 0001 | MTC-00017368
Myers, James F. | 0001 | MTC-00027027
Myers, Jerry | 0002 | MTC-00001711
Myers, Jim | 0002 | MTC-00019334
Myers, Jim | 0001 | MTC-00030259
Myers, Jim W. | 0002 | MTC-00024389
Myers, Leif | 0001 | MTC-00018109
Myers, Michael | 0002 | MTC-00028677
Myers, Mike | 0001 | MTC-00019290
Myers, Nathan | 0002 | MTC-00025039
Myers, Nathan | 0001 | MTC-00017330
Myers, P2 | 0001 | MTC-00021998
Myers, Richard | 0001 | MTC-00020681
Myers, Robert | 0001 | MTC-00003173
Myers, Roy William, Jr. | 0001 | MTC-00009584
Myers, Stephen | 0001 | MTC-00005279
Myerson, Daniel A. | 0001 | MTC-00010311
Myerson, Daniel A. | 0001 | MTC-00010524
Myerson, Terry | 0001 | MTC-00005264
Myhre, Mike | 0001 | MTC-00003223
Myles, John | 0001 | MTC-00005327
Mylorie, Vance | 0001 | MTC-00001101
Mynsted | 0001 | MTC-00015432
Myote, Christine | 0001 | MTC-00030341
Myre, Oscar | 0001 | MTC-00008291
Myre, Oscar | 0001 | MTC-00001497
Myskowski, Sandra O. | 0001 | MTC-00011631
MyTeeMax2@ aol.com | 0001 | MTC-00024279
MZK225@ aol.com | 0001 | MTC-00002396
N.C. | 0001 | MTC-00022992
n2zamaroso@ aol.com | 0001 | MTC-00014528
Na, Praw | 0001 | MTC-00012717
Naber, Jeff | 0001 | MTC-00010783
Naccarato, JOe | 0001 | MTC-00019411
Nader, Gary | 0001 | MTC-00023208
Nading, David | 0001 | MTC-00020662
Naditigal, Sam | 0001 | MTC-00030045
Nadle, David | 0001 | MTC-00028254
Naecker, Bond | 0001 | MTC-00014484
Naecker, Jean | 0001 | MTC-00014483
Naegle, Brad | 0001 | MTC-00011767
Naglich, Dan | 0001 | MTC-00017868
Naglich, Don | 0001 | MTC-00017804
Naglich,Jason | 0001 | MTC-00019766
Nagy, Csaba | 0003 | MTC-00032100
Nahabedian, Mark | 0002 | MTC-00021690
Naik, Tejas | 0001 | MTC-00028041
Nair, Hari | 0001 | MTC-00023546
Naisuler, Alan | 0004 | MTC-00014456
Nakai, John | 0003 | MTC-00002711
Nakai, John | 0004 | MTC-00013700
Nakashian, Richard | 0002 | MTC-00033159
Nalbone, Frank | 0001 | MTC-00007300
Nalebuff, Edward A. | 0001 | MTC-00006076
Nall, Clint | 0001 | MTC-00024498
Nall, Elisha | 0002 | MTC-00033505
Nall, Nathan | 0002 | MTC-00033507
Nall, Shirley | 0001 | MTC-00026509
Nall, Vickie | 0002 | MTC-00033506
Name Unknown | 0001 | MTC-00030845
Name Unreadable | 0001 | MTC-00030163
name unreadable | 0001 | MTC-00029601
name unreadable | 0001 | MTC-00029981
Name unreadable | 0001 | MTC-00030789
Name Unreadable | 0001 | MTC-00030240
name unredable | 0001 | MTC-00029679
Namon, Richard | 0001 | MTC-00019802
nanandkitty@ bigplanet.com | 0001 | MTC-00028584
nancid6652@ aol.com | 0001 | MTC-00016039
Nancy, Nancy | 0001 | MTC-00021123
Nandani, Marhar | 0001 | MTC-00007326
Nanke, Kory | 0001 | MTC-00030060
Nano, Nunzio | 0001 | MTC-00020456
Naparstek, Jack | 0001 | MTC-00007145
Napier, Judy | 0001 | MTC-00031840
Naples, Richard | 0002 | MTC-00033130
Napoli, Bill | 0001 | MTC-00030071
Naran, Travers | 0001 | MTC-00000406
Narasimhan, Partha | 0001 | MTC-00016728
Narayanan, Ashok | 0002 | MTC-00015870
Nardino, Charles T. | 0001 | MTC-00001043
Nardo, Norman | 0001 | MTC-00031119
Naresh, Himari | 0001 | MTC-00010826
Narowetz, Scott | 0001 | MTC-00016689
Nasal, Caroline | 0001 | MTC-00017763
NasaRulz@ hotmail.com | 0001 | MTC-00013814
Nash, Chris | 0001 | MTC-00016699
Nash, Jason L. | 0001 | MTC-00025941
Nash, Kristi | 0001 | MTC-00020865
Nash, Otho | 0001 | MTC-00007163
Nash, Sydney | 0001 | MTC-00014697
Nash-Hoff, Michele | 0001 | MTC-00031977
Nasir, Robert | 0001 | MTC-00020888
Nasman, Keith | 0001 | MTC-00026357
Nason, Kirk | 0002 | MTC-00009168
Nassar, Munir | 0001 | MTC-00015068
Nasturtium | 0001 | MTC-00008577
Natale, Ronald | 0001 | MTC-00021997
Nath, Rob | 0002 | MTC-00005001
Nath, Ron | 0002 | MTC-00005199
Nath, Ron | 0002 | MTC-00002582
Nathaniel | 0001 | MTC-00022194
Nathanson, Dave | 0001 | MTC-00023218
Nathanson, David | 0001 | MTC-00023785
Nathanson, Jeff | 0001 | MTC-00016100
Nationgate@ aol.com | 0001 | MTC-00008448
Natoli, Anthony | 0003 | MTC-00004552
Natsoulis, Nicolaos | 0001 | MTC-00030562
Nau, William | 0002 | MTC-00019535
Naugle, Cris | 0002 | MTC-00026866
Nault, James | 0001 | MTC-00020301
Naulty , John Stephen | 0001 | MTC-00002414
Naumann, Trent A. | 0001 | MTC-00003237
Naumov, Dan | 0001 | MTC-00014951
Nauta, Roger | 0001 | MTC-00006135
Nautiyal, Deepak | 0001 | MTC-00002837
Navarro, Jose | 0001 | MTC-00030964
Navarro, Luis | 0001 | MTC-00029804
Navarro, Randy | 0001 | MTC-00002574
Nave, Dorothy | 0001 | MTC-00012682
Nawalanic, Sharon, John and Greg | 0001 | MTC-00005557
Nawaz, Mohammed | 0001 | MTC-00008740
Nay, Stephen | 0001 | MTC-00003064
Nayfield, Rod | 0001 | MTC-00024899
Naylor, John | 0001 | MTC-00004102
Naylor, John | 0002 | MTC-00024343
Naylor, Robert | 0001 | MTC-00019462
Nazarian, Bruce | 0002 | MTC-00028656
Nazario, Alvin L. | 0001 | MTC-00001737
Nazor, Hugh | 0001 | MTC-00012902
nbleyer@ Hotmail.com | 0001 | MTC-00025185
NCC74656@ | 0001 | MTC-00003038
SubDimension.com.
ncla@ att.net | 0001 | MTC-00028130
ndibble@ accs.net | 0001 | MTC-00011302
Neabitt, Franklin | 0001 | MTC-00012306
Neal | 0001 | MTC-00004965
Neal | 0002 | MTC-00000666
Neal, Brent | 0001 | MTC-00015305
Neal, Jean | 0001 | MTC-00009196
Neal, randy | 0001 | MTC-00008599
Neale, Bennett | 0001 | MTC-00027341
Neale, Beverly | 0001 | MTC-00002603
Neale, Miles | 0001 | MTC-00005131
Nealy, Keith | 0001 | MTC-00006989
Nearing, Jim | 0001 | MTC-00013490
Neault, Andy | 0001 | MTC-00032974
Nebel, Joe | 0001 | MTC-00016907
Nebergall, Christopher | 0001 | MTC-00018038
Neblett, Carroll | 0001 | MTC-00012370
Neborg, Patrick | 0001 | MTC-00030392
Neche, Bill | 0001 | MTC-00031023
Neckolaishen, Patrick W. | 0001 | MTC-00018657
Necoechea, WIlliam | 0001 | MTC-00011004
Necoechea, William and Stephanie | 0001 | MTC-00025649
Necoechea, William and Stephanie | 0001 | MTC-00005167
Necoechea, William and Stephanie | 0001 | MTC-00019631
Nedgam@ aol.com | 0001 | MTC-00006884
Nedgam@ aol.com | 0001 | MTC-00000867
Nedich, Zoran | 0001 | MTC-00001788
Needham, Doug | 0001 | MTC-00029191
Needham, Douglas | 0001 | MTC-00014969
Needham, James P. | 0001 | MTC-00007788
Needham, James P. | 0001 | MTC-00011537
Neeley, Jason M. | 0001 | MTC-00003220
Neeley, Lee | 0001 | MTC-00019796
Neely, Andrew | 0001 | MTC-00028770
Neely, Robert | 0001 | MTC-00006882
Neely, Robert | 0001 | MTC-00004374
Neff, Al | 0001 | MTC-00010338
Neff, Arlena-Ann B. | 0001 | MTC-00011813
Neff, Clifton McDaniel | 0001 | MTC-00028418
Neff, Lyle F. | 0001 | MTC-00009020
Neff, Rusty | 0002 | MTC-00000342
Neff, Samuel | 0001 | MTC-00002890
Negi, Akita | 0002 | MTC-00027400
Negolo Bolen, Jr. | 0001 | MTC-00019713
neh-teh | 0001 | MTC-00007961
Nehring, Ron | 0001 | MTC-00031317
Nehrlich, Eric | 0001 | MTC-00020195
Neighbors, Todd | 0001 | MTC-00011174
neil@ peekshows.com | 0001 | MTC-00017054
Neill, Brandon | 0001 | MTC-00016549
Neill, Steven | 0001 | MTC-00024347
Neiman, Hal | 0002 | MTC-00033074
Neitzel, Mark | 0001 | MTC-00031008
Nel, Ricco | 0001 | MTC-00002364
nela@ telenet.net | 0001 | MTC-00024229
Nell, Bud | 0001 | MTC-00005631
Nell, Guinevere | 0004 | MTC-00017058
Nelle, Steve | 0001 | MTC-00019656
Nelligan, Michael | 0002 | MTC-00027638
Nelms, Daniel | 0001 | MTC-00017243
Nelms, Jan W. | 0001 | MTC-00002998
Nelsen, Dale | 0001 | MTC-00026049
Nelson, Allan | 0001 | MTC-00023544
Nelson, Ammie | 0001 | MTC-00025314
Nelson, Andy | 0001 | MTC-00033268
Nelson, Anthony A. | 0001 | MTC-00009111
Nelson, Bernard | 0001 | MTC-00007067
Nelson, Bernard | 0001 | MTC-00021845
Nelson, Billie | 0001 | MTC-00023798
Nelson, Bob | 0002 | MTC-00009785
Nelson, Bob | 0001 | MTC-00013796
Nelson, Bret | 0002 | MTC-00009928
Nelson, Brian | 0001 | MTC-00013995
Nelson, Charles D. | 0001 | MTC-00009464
Nelson, Charles D. | 0001 | MTC-00032420
Nelson, Chris | 0002 | MTC-00004455
Nelson, Chris | 0001 | MTC-00012814
Nelson, Christina | 0001 | MTC-00003344
Nelson, Cody | 0002 | MTC-00000764
Nelson, Dave | 0001 | MTC-00004335
Nelson, Donald | 0001 | MTC-00006304
Nelson, Dwain | 0001 | MTC-00011484
Nelson, Erick | 0001 | MTC-00002474
Nelson, Erik | 0001 | MTC-00003895
Nelson, Jeff | 0001 | MTC-00002710
Nelson, Jeremy J. | 0002 | MTC-00021547
Nelson, Jerrald | 0001 | MTC-00006401
Nelson, Ken | 0001 | MTC-00007887
Nelson, Lee | 0001 | MTC-00016975
Nelson, Lynne | 0001 | MTC-00005252
Nelson, Marcus | 0002 | MTC-00004647
Nelson, Marsha | 0001 | MTC-00012990
Nelson, Marty | 0001 | MTC-00012705
Nelson, Michael | 0001 | MTC-00030252
Nelson, Michael | 0001 | MTC-00030937
Nelson, Mike | 0002 | MTC-00003863
Nelson, Paul | 0002 | MTC-00000368
Nelson, Perri | 0001 | MTC-00022311
Nelson, Robert | 0002 | MTC-00032507
Nelson, Robert | 0002 | MTC-00013798
Nelson, Robert | 0002 | MTC-00033320
Nelson, Robert | 0001 | MTC-00007468
Nelson, Robert W. | 0001 | MTC-00007114
Nelson, Ron | 0001 | MTC-00004038
Nelson, Rosie | 0001 | MTC-00019499
Nelson, Russell | 0001 | MTC-00023818
Nelson, S. Kenneth | 0001 | MTC-00022380
Nelson, Sabrina | 0001 | MTC-00022300
Nelson, Steve | 0001 | MTC-00018750
Nelson, Steve | 0001 | MTC-00020026
Nelson, Theodore | 0002 | MTC-00026191
Nelson, Theodore W. | 0001 | MTC-00008110
Nelson, Wilbur | 0001 | MTC-00001953
Nelson, Wilbur | 0001 | MTC-00018891
Nelson@ sass165.sancia.gov | 0001 | MTC-00002668
Neman, Mike | 0001 | MTC-00019206
Nemat-Nasser, Syrus | 0001 | MTC-00018659
Nemchak, Joseph | 0001 | MTC-00031510
Nemecek, Frank P. | 0001 | MTC-00019513
Nemecek, William | 0001 | MTC-00031421
Nemesis, Enfarar | 0001 | MTC-00010413
Nemeyer, George F. | 0001 | MTC-00019244
Nemia, Frank A. | 0001 | MTC-00006427
Nemitz, Vernon | 0002 | MTC-00015319
Nemoy, Yaakov | 0001 | MTC-00026360
Nen'tt, Robert | 0001 | MTC-00017608
Nendick, Paul | 0002 | MTC-00010256
Nerli, Virgil | 0001 | MTC-00006743
Nervik, Dean | 0002 | MTC-00032911
Nesbitt, Bruce | 0001 | MTC-00000287
Nesbitt, Elizabeth and Donton, C. Anderson | 0001 | MTC-00023519
Nesbitt, Elizabeth and Dorton, Andy | 0001 | MTC-00032017
Nesbitt, Peter J. | 0001 | MTC-00015039
Nesbitt, Ross | 0002 | MTC-00019231
Nesbitt, William | 0002 | MTC-00033034
Nesius, Robert A. | 0001 | MTC-00018714
Nesky, Mark | 0004 | MTC-00027786
Ness, Andrew | 0001 | MTC-00000603
Ness, Daniel | 0001 | MTC-00005818
Ness, Jonathan | 0001 | MTC-00004417
Ness, Milo | 0001 | MTC-00013428
Ness, Milo | 0001 | MTC-00013451
Ness, Milo | 0001 | MTC-00006710
Ness, Zoltan | 0001 | MTC-00031860
Nestar, Larry | 0001 | MTC-00026494
NetAction/Computer Professionals... | 0018 | MTC-00030604
Netterfield, Barth | 0001 | MTC-00000944
Nettles, Marc | 0001 | MTC-00029915
Nettles, Marc T. | 0001 | MTC-00029775
Nettles-Borden, Franklin | 0001 | MTC-00007651
Neu, Dave | 0001 | MTC-00033393
Neu, David | 0001 | MTC-00023908
Neubauer, Ray | 0001 | MTC-00006460
Neudorff, Emilia | 0001 | MTC-00025327
Neudorff, Emilia | 0001 | MTC-00011749
Neufeld, Jonathan | 0002 | MTC-00004989
Neufeld, Lowell | 0001 | MTC-00012712
Neugebauer, Richard A. | 0001 | MTC-00031383
Neugroschl, Scott | 0001 | MTC-00023832
Neuman, Michael and Rebecka | 0001 | MTC-00002356
Neumann, Erika | 0001 | MTC-00029153
Neus, Elizabeth | 0001 | MTC-00021389
Neutinger, Nathan | 0002 | MTC-00015518
Neva | 0001 | MTC-00012387
Neville, Anthony | 0001 | MTC-00003433
Nevis, Frank | 0001 | MTC-00003496
New York Times | 0008 | MTC-00029783
newaje | 0001 | MTC-00020424
Newberry, Geoff | 0001 | MTC-00024536
Newbold, Richard | 0001 | MTC-00015926
Newborn, Earl | 0002 | MTC-00004115
Newbound, Rodney | 0001 | MTC-00032960
Newbury, RG | 0001 | MTC-00017712
Newby, Kris | 0001 | MTC-00022772
Newcase ATR | 0003 | MTC-00032293
Newcomb, Doug | 0001 | MTC-00000149
Newcomb, James | 0001 | MTC-00008337
Newcomb, Wayne | 0001 | MTC-00005417
Newcum, David | 0001 | MTC-00016212
Newell, Brad | 0001 | MTC-00006634
Newell, John R. | 0001 | MTC-00006934
Newell, Lynda | 0001 | MTC-00010233
Newell, Mary Jane | 0001 | MTC-00029218
Newell, Paul | 0002 | MTC-00030014
Newell, Peter R. | 0001 | MTC-00011001
Newell, Scott | 0001 | MTC-00025951
Newhall, Matthew | 0002 | MTC-00017503
Newkirk, James | 0001 | MTC-00008937
Newkirk, Jay | 0001 | MTC-00013901
Newlin, Kim | 0001 | MTC-00007462
Newlon, Eric | 0001 | MTC-00000762
Newlon, Mark | 0001 | MTC-00022612
Newman, Alan | 0001 | MTC-00013398
Newman, Arthur M. | 0001 | MTC-00001669
Newman, B. | 0001 | MTC-00006499
Newman, Bryan | 0001 | MTC-00022252
Newman, David | 0001 | MTC-00022994
Newman, Dennis | 0001 | MTC-00030783
Newman, Glenn A. | 0001 | MTC-00014237
Newman, James B. | 0001 | MTC-00033282
Newman, Liam | 0001 | MTC-00030177
Newman, Linda | 0001 | MTC-00031494
Newman, Rut | 0001 | MTC-00022196
Newmann, Lawrence | 0001 | MTC-00025404
Newquist, Jeff | 0001 | MTC-00017597
Newquist, Jonathan | 0001 | MTC-00020518
Newsom, Cullen | 0001 | MTC-00019494
Newsome, William G. | 0001 | MTC-00031313
Newton, Chuck | 0001 | MTC-00005697
Newton, Dennis | 0001 | MTC-00003491
Newton, George | 0001 | MTC-00027717
Newton, Michael | 0001 | MTC-00020180
Newton, Pete | 0001 | MTC-00013842
Newton, Robert | 0001 | MTC-00001657
Newton, Ronald | 0001 | MTC-00033122
Nextone000@ aol.com | 0001 | MTC-00007011
Nez, John | 0002 | MTC-00006266
Ng, Addie | 0001 | MTC-00012469
Ng, Martin | 0001 | MTC-00022344
Ngo, KY | 0001 | MTC-00030763
Nguyen, Don | 0002 | MTC-00012395
Nguyen, Luckinh | 0002 | MTC-00009034
nhbrown@ mediaone.net | 0001 | MTC-00024290
Niblock, Ashley | 0001 | MTC-00024420
Niccolls, Ray | 0001 | MTC-00003427
Nice, Denise and Jim | 0001 | MTC-00033435
Nice, Diane | 0001 | MTC-00011720
Nicholas, Gretchen | 0001 | MTC-00013666
Nicholas, Ray W. | 0001 | MTC-00027013
Nicholls, Bill | 0003 | MTC-00022904
Nicholoff, Patricia | 0001 | MTC-00007779
Nichols, Betty | 0001 | MTC-00031768
Nichols, Cynthia | 0001 | MTC-00001681
Nichols, Cynthia | 0001 | MTC-00002065
Nichols, Dale | 0002 | MTC-00006006
Nichols, Daniel | 0006 | MTC-00019126
Nichols, David S. | 0002 | MTC-00003608
Nichols, Dayna | 0001 | MTC-00008464
Nichols, Edward | 0001 | MTC-00017719
Nichols, Eric | 0001 | MTC-00017792
Nichols, Grady | 0001 | MTC-00027169
Nichols, Jerry | 0001 | MTC-00021473
Nichols, Patrick | 0001 | MTC-00015354
Nichols, Robert | 0001 | MTC-00020837
Nichols, Scott | 0001 | MTC-00015246
Nichols-Dawson, Beverly | 0001 | MTC-00006285
Nicholson, Joseph | 0003 | MTC-00004958
Nicholson, Kenneth | 0001 | MTC-00000854
Nicholson, Kenneth | 0001 | MTC-00005824
Nicholson, Michael | 0001 | MTC-00004316
Nicholson, Stephen | 0001 | MTC-00020270
Nicholson, Steve | 0001 | MTC-00001253
Nicholson-Owens, J.B. | 0003 | MTC-00027175
Nickel, Art | 0001 | MTC-00003308
Nickel, Brad | 0001 | MTC-00005409
Nickel, Stephen | 0001 | MTC-00031883
Nickelson, Cecil | 0001 | MTC-00025321
Nickerson, Frank | 0001 | MTC-00003435
Nickerson, Norval | 0002 | MTC-00033195
Nickisher, Michael | 0001 | MTC-00005528
Nickle, Michael | 0002 | MTC-00022593
Nicklin, Peter | 0002 | MTC-00026292
Nicksay, Alex | 0002 | MTC-00022258
Nicksay, David | 0001 | MTC-00024856
Nicol, Monty | 0001 | MTC-00004971
Nicoletti, Rick | 0001 | MTC-00015751
Nicoletti, Todd | 0001 | MTC-00018366
Nicoll, Lyman | 0001 | MTC-00022956
Nicoll, Lyman | 0001 | MTC-00022965
Nicoloff, Cathy | 0001 | MTC-00015014
NicSca@ aol.com | 0001 | MTC-00007859
Niebling, Jonathan | 0001 | MTC-00021896
Niederman, Alfred | 0001 | MTC-00005484
Niederman, Bob | 0002 | MTC-00003448
Niederman, Bob | 0002 | MTC-00000129
Niederman, Bob | 0001 | MTC-00003640
Niedermayer, Pam | 0001 | MTC-00001404
Niedermeyer, Franz | 0001 | MTC-00015882
Niehenke, K. | 0001 | MTC-00029717
Niehoff, David | 0001 | MTC-00017037
Niell, Jose P. | 0001 | MTC-00000621
Nielsen, Alberta | 0001 | MTC-00031915
Nielsen, Christian | 0002 | MTC-00016137
Nielsen, Esben | 0002 | MTC-00016759
Nielsen, Mark | 0001 | MTC-00009782
Nielsen, Michael S. | 0001 | MTC-00020104
Nielsen, Missy | 0001 | MTC-00029347
Nielsen, Sven | 0001 | MTC-00016686
Nielsen, Will | 0001 | MTC-00027122
Nielson, Richard | 0001 | MTC-00007031
Nielson, Thomas | 0001 | MTC-00007602
Nielson,Mark | 0001 | MTC-00032454
Niemann, James L. Sr. | 0001 | MTC-00009627
Niemann, Zachery | 0001 | MTC-00001124
Niemi, Matt | 0001 | MTC-00032646
Niemi, Timothy | 0002 | MTC-00019233
Nienaber, Bill | 0001 | MTC-00017557
Niertit, Joan | 0001 | MTC-00019124
Nies, Bob | 0001 | MTC-00002383
Niesyto, Allen | 0001 | MTC-00007478
Niesz, Tony | 0001 | MTC-00028515
Nietzel, Earle | 0001 | MTC-00003915
Nieukirk, Jim | 0001 | MTC-00011904
Nievwenhuis, Norman | 0001 | MTC-00023597
Niewiek, David | 0001 | MTC-00007204
Niewiek, James | 0002 | MTC-00030808
Nigrelli, Terry | 0001 | MTC-00002052
Nigrini, Peter | 0001 | MTC-00000254
Nigro, Richard | 0001 | MTC-00012329
Nikkil, Iri | 0001 | MTC-00023150
nikolager, Andrey | 0001 | MTC-00024204
Nikoomanesh, Sasan | 0001 | MTC-00006145
Nilan, Jon | 0001 | MTC-00000311
Nilsson, Sam | 0001 | MTC-00017544
Nimetz, Aaron | 0001 | MTC-00027473
Nimir, Andy | 0001 | MTC-00005161
Niner, J | 0001 | MTC-00024701
Niola, Jon | 0001 | MTC-00014898
Nipp, R. C. | 0001 | MTC-00006121
nirgal27@ yahoo.com | 0001 | MTC-00028109
Nissen, Jack | 0001 | MTC-00005844
Nitikman | 0002 | MTC-00014465
Nitz, Brian | 0006 | MTC-00026200
Nix, Bob W. | 0001 | MTC-00027275
Nix, James H. | 0001 | MTC-00024378
Nixon, Bob | 0001 | MTC-00000719
Nixon, Bob | 0001 | MTC-00032258
Nixon, Chuck | 0001 | MTC-00015397
Niyasor, Artur | 0003 | MTC-00023537
njaggold@ yahoo.com | 0001 | MTC-00015990
nmanning73@ home.com | 0001 | MTC-00014680
nn@ broadcom.com | 0001 | MTC-00000210
no | 0001 | MTC-00014785
No Name | 0001 | MTC-00003373
No Name | 0001 | MTC-00003350
No Name | 0001 | MTC-00003374
No Name | 0002 | MTC-00031320
No Name | 0001 | MTC-00031380
No-Name | 0001 | MTC-00003323
Noakes, Mark | 0002 | MTC-00000014
Noberg, Clifford | 0001 | MTC-00027346
Noble, William | 0001 | MTC-00005318
Nocon, Rizaldi | 0001 | MTC-00019405
Noe, D. | 0001 | MTC-00008112
Noel, Jack R. | 0002 | MTC-00014775
Noetzelman, Jeremy | 0001 | MTC-00018357
Nofsinger, Charles | 0001 | MTC-00004073
Noggle, Benjamin | 0003 | MTC-00003761
Nolan, Dan | 0002 | MTC-00004707
Nolan, Mary Lou | 0001 | MTC-00015108
Nolan, Patrick | 0001 | MTC-00018994
Nolan, Richard | 0001 | MTC-00019120
Noland, Peebles | 0001 | MTC-00010972
Nolde, Kenneth | 0001 | MTC-00025931
Nolen, Jonathan | 0001 | MTC-00023846
Nolen, Jonathan D. | 0001 | MTC-00033363
Nolen, Keith | 0001 | MTC-00003273
Noll, Julie | 0001 | MTC-00011246
Noll, Julie | 0001 | MTC-00002267
Noll, Paul | 0001 | MTC-00005153
Noll, Wayne | 0001 | MTC-00012288
Nolto, Tony | 0001 | MTC-00017089
noman@ shidbey.com | 0001 | MTC-00012734
None, Jeff | 0002 | MTC-00015632
none@ nowhere.com | 0001 | MTC-00028714
Noob, Bob | 0001 | MTC-00014964
Noonan, David | 0001 | MTC-00014930
Noonan, Ed | 0001 | MTC-00002690
Noonan, Jean | 0002 | MTC-00033223
Noonan, Robert | 0002 | MTC-00033220
Noonan, Thomas P. | 0001 | MTC-00024926
Nooney, Ross | 0001 | MTC-00009397
Noonkester, Jay | 0001 | MTC-00013883
Norbury, Chris | 0002 | MTC-00033118
Norby, Eugene | 0001 | MTC-00013022
Nordan, Robert Jr. | 0001 | MTC-00025748
Nordeen, Lynn | 0001 | MTC-00023565
Norden, David | 0001 | MTC-00013239
Nordgren, David | 0001 | MTC-00027178
Nordhagen, Rune Q. | 0001 | MTC-00001037
Nordin, Eric | 0001 | MTC-00008988
Nordlund, James | 0002 | MTC-00032344
Nordlund, James M. | 0002 | MTC-00032874
Nordquist, Brent J. | 0002 | MTC-00013755
Nordstrom, Gladstone | 0001 | MTC-00021371
Norfleet, Bailey | 0001 | MTC-00026144
Norfly@ aol.com | 0001 | MTC-00008492
Norgard, Michael | 0001 | MTC-00007337
Norland, Howard | 0001 | MTC-00004876
Norloff, Chris | 0001 | MTC-00010893
Norloff, Pete | 0001 | MTC-00010898
Norm | 0001 | MTC-00009401
normal152@ webtv.net | 0001 | MTC-00024265
Norman, Betty | 0001 | MTC-00024479
Norman, Dick | 0002 | MTC-00012870
Norman, Jan | 0001 | MTC-00007536
Norman, Marv | 0001 | MTC-00007361
Norman, Marv | 0002 | MTC-00027039
Norman, Veesa | 0002 | MTC-00016655
Norquist, Grover G. | 0003 | MTC-00009246
Norris, Byron | 0001 | MTC-00015819
Norris, Dean | 0001 | MTC-00019623
Norris, H. T. | 0002 | MTC-00030554
Norris, John | 0001 | MTC-00014414
Norris, Larry | 0001 | MTC-00015650
Norris, Luke | 0001 | MTC-00019962
Norris, Paul | 0001 | MTC-00023421
Norris, Russ | 0001 | MTC-00007585
Norris, Tim l. | 0001 | MTC-00005663
Norris, Virginia M. | 0001 | MTC-00005162
Norskog, Jack | 0001 | MTC-00019371
NORSKPOLE@ aol.com | 0001 | MTC-00004085
Norstad, Lyn | 0001 | MTC-00005373
Norsworthy, George H. | 0001 | MTC-00001734
North, Catherine | 0001 | MTC-00008221
North, Daniel | 0001 | MTC-00020685
North, Ken | 0001 | MTC-00032050
North, Knox | 0001 | MTC-00016402
North, Ronald. M | 0001 | MTC-00009058
North, Stephen | 0001 | MTC-00011022
North, Storm | 0001 | MTC-00025115
Northrop, Scott | 0001 | MTC-00003633
Northrup Jr., William | 0001 | MTC-00007071
Northrup, Beryl F. and Norman N. | 0001 | MTC-00025628
Northup, Carole | 0001 | MTC-00021578
Northup, Steven D. | 0002 | MTC-00021573
Northway, Willie | 0001 | MTC-00025918
Nortleet, David | 0001 | MTC-00002363
Norton, Dan | 0001 | MTC-00016631
Norton, Dana | 0001 | MTC-00009313
Norton, Don | 0001 | MTC-00004144
Norton, Douglas | 0001 | MTC-00013718
Norton, Joe | 0001 | MTC-00019764
Norton, Menard | 0001 | MTC-00029508
Norton, Paul | 0001 | MTC-00005452
Norton, Randy | 0001 | MTC-00021635
Norton, Randy | 0001 | MTC-00033285
Norton, Thane | 0001 | MTC-00001511
Norton, ty | 0002 | MTC-00014850
Norvell, Douglas | 0001 | MTC-00012672
Norwood, Chris | 0001 | MTC-00001143
Nosal, Stephen | 0001 | MTC-00024827
nosettlement@ mem.mailshell.com | 0001 | MTC-00016102
Noskowski, Ed | 0001 | MTC-00006926
Nostrano, Tom | 0001 | MTC-00022080
Notara, Charles | 0001 | MTC-00000986
Notara, Charles | 0001 | MTC-00005871
nothanks@ aol.com | 0001 | MTC-00014566
Nottage, Mark E. | 0001 | MTC-00019072
Nottonson, Nancy | 0001 | MTC-00031333
Nottorson, Peter and Nancy | 0001 | MTC-00024448
Nourbakhsh, Fred | 0001 | MTC-00026589
Nova, Clark | 0003 | MTC-00015154
Novacki, Stan | 0001 | MTC-00026966
Novak, Larry | 0001 | MTC-00007646
Novak, Larry | 0001 | MTC-00005278
Novak, Larry | 0001 | MTC-00011786
Novak, Michael | 0001 | MTC-00015203
Novell | 0037 | MTC-00029523
Novielli, Joe | 0001 | MTC-00001636
Novinger, John | 0001 | MTC-00021746
Novosel, Eileen | 0001 | MTC-00020745
Novosel, Eileen | 0001 | MTC-00024011
Nowack, Aaron E. | 0001 | MTC-00018342
Nowack, Eve & Andre | 0001 | MTC-00030198
Nowakowski, Steve | 0001 | MTC-00021355
Nowland, Benoni IV | 0001 | MTC-00010982
Nowland, Ian | 0002 | MTC-00009796
Nowlin, Bill | 0001 | MTC-00019692
Nowotny, Lan | 0001 | MTC-00021656
Nperricici@ cox.rr.com | 0001 | MTC-00028233
NPREWITT | 0001 | MTC-00023134
nscobic@ kollsman.com | 0001 | MTC-00015101
nsxj@ aol.com | 0001 | MTC-00017221
nterhoeve@ gmstl.com | 0001 | MTC-00007860
Ntlor | 0001 | MTC-00019589
nuage@ asc3fda4.hydro.qc.ca | 0001 | MTC-00016365
Nuckolls, Neal NN@ Broadcom.com | 0002 | MTC-00000164
Nuessle | 0001 | MTC-00019359
Nuffer, Dan | 0002 | MTC-00016511
Nugent, Bill | 0001 | MTC-00020425
Nugent, Michael | 0002 | MTC-00004927
Nugent, Rodger | 0002 | MTC-00013754
Nugent, Thomas | 0001 | MTC-00005846
Nuger, Fred | 0001 | MTC-00027986
Nule, Brian | 0001 | MTC-00023980
Null, Richard T. | 0001 | MTC-00023027
Nunamaker, Michael | 0001 | MTC-00018530
Nunez, Aurelio | 0001 | MTC-00014766
Nunez, Fred F. | 0001 | MTC-00012400
Nungester, Julie | 0001 | MTC-00013201
Nunn, David | 0001 | MTC-00024008
Nuovo, Frank and Francesca | 0001 | MTC-00028047
nursejane@ worldnet.att.ent | 0001 | MTC-00017211
nursejane@ worldnet.att.net | 0001 | MTC-00028166
Nussbaum, James G. | 0001 | MTC-00006060
Nusser, Linda | 0002 | MTC-00026387
Nussle, Jim | 0002 | MTC-00033063
Nutter, Mark | 0001 | MTC-00015681
Nutton, Thomas | 0001 | MTC-00012514
Nutton, Thomas G. | 0001 | MTC-00028311
Nuzum, Robert | 0002 | MTC-00032528
Nuzzolillo, Jared | 0001 | MTC-00014730
NWA | 0001 | MTC-00015400
Ny.. Ny | 0001 | MTC-00007424
NY...NY | 0001 | MTC-00011963
Nyberg, Jason | 0001 | MTC-00016857
Nye, Joel | 0003 | MTC-00018487
Nye, Pat | 0001 | MTC-00013375
Nye, Randy | 0002 | MTC-00004983
Nye, Sexy | 0001 | MTC-00027357
Nymeyer, Joyce | 0001 | MTC-00009538
Nymeyer, Marlene | 0001 | MTC-00012452
Nystrom, Bob | 0002 | MTC-00000233
Nystrom, Bob | 0002 | MTC-00014768
Nystrom, Stephen | 0001 | MTC-00023334
Nystron, Robert | 0002 | MTC-00014433
NYTRAL@ WTG.USDOJ.GOV | 0001 | MTC-00019139
O'Banion, Sharon | 0001 | MTC-00031251
O'Boyle, Helen C. | 0004 | MTC-00017506
O'Brien, Al | 0001 | MTC-00025930
O'Brien, Andrew | 0001 | MTC-00014986
O'Brien, Danny | 0001 | MTC-00003189
O'Brien, David | 0001 | MTC-00027535
O'Brien, David | 0001 | MTC-00001069
O'Brien, James | 0001 | MTC-00006096
O'Brien, James | 0001 | MTC-00001411
O'Brien, Jay | 0002 | MTC-00031790
O'Brien, John | 0001 | MTC-00012206
O'Brien, John | 0002 | MTC-00013370
O'Brien, Matt | 0002 | MTC-00001933
O'Brien, Michael | 0001 | MTC-00015968
O'Brien, Michael P. | 0001 | MTC-00022269
O'Brien, Pat | 0001 | MTC-00019460
O'Brien, Patrick | 0001 | MTC-00012869
O'Brien, Robert | 0001 | MTC-00002096
O'Brien, Roger | 0001 | MTC-00004608
O'Bryan, B. J. | 0001 | MTC-00005816
O'Byrne, William | 0001 | MTC-00033021
O'Cain, Iain | 0002 | MTC-00010690
O'Callahan, Robert | 0001 | MTC-00015731
O'Connell, Barbara | 0001 | MTC-00018559
O'Connell, Bob | 0001 | MTC-00019399
O'Connell, Daniel | 0001 | MTC-00023090
O'Connell, Dusty | 0001 | MTC-00018374
O'Connell, Joel | 0001 | MTC-00027853
O'Connell, Michael | 0001 | MTC-00016307
O'Conner, Arthur | 0001 | MTC-00000920
O'Conner, Ed | 0001 | MTC-00021114
O'Connor, Barbara | 0002 | MTC-00024404
O'Connor, Bill | 0010 | MTC-00018483
O'COnnor, Christopher | 0001 | MTC-00020465
O'Connor, Jim | 0001 | MTC-00021105
O'Connor, Kevin R. | 0002 | MTC-00001328
O'Connor, Patrick | 0001 | MTC-00029481
O'Connor, Patrick | 0001 | MTC-00029541
O'Connor, Sheevaun | 0001 | MTC-00029061
O'Connor, Tim | 0001 | MTC-00006281
O'Connor, Zot | 0002 | MTC-00014895
O'Connor-Rose, Joshua | 0001 | MTC-00018859
O'Daniel, Donna | 0001 | MTC-00013254
O'Dell, Jim | 0001 | MTC-00004534
O'Dell, John | 0001 | MTC-00027137
O'Dell, Leon | 0001 | MTC-00012830
O'Doherty, Ned | 0001 | MTC-00030296
O'Donnell, David | 0001 | MTC-00022801
O'Donnell, Ed | 0002 | MTC-00030971
O'Donnell, John | 0001 | MTC-00030247
O'Donnell, John | 0001 | MTC-00029877
O'Donnell, Mike | 0004 | MTC-00019224
O'faherty, JohnWHite, Carol L. | 0002 | MTC-00031071
O'Farrell, Charles | 0002 | MTC-00031246
O'Flaherty, Dorothy A. | 0001 | MTC-00009241
O'Grady, Emmett | 0001 | MTC-00002820
O'Grady, Patrick | 0001 | MTC-00001883
O'Grady, Sean M. | 0001 | MTC-00019804
O'Hara, Joe | 0002 | MTC-00032160
O'Hara, John & Dorothy | 0001 | MTC-00008219
O'Hara, Joseph | 0002 | MTC-00032437
O'Hare, John | 0001 | MTC-00026307
O'Hare, Sheilagh | 0001 | MTC-00016339
O'Hare, Tim | 0002 | MTC-00009102
O'Hare, Vincent | 0001 | MTC-00020557
O'Hehir, Kevin | 0002 | MTC-00013552
O'Hern, Tom | 0001 | MTC-00009702
O'Laughlin, Shawn | 0001 | MTC-00013152
O'Leary, Jack | 0001 | MTC-00008997
O'Leary, Owen | 0001 | MTC-00020565
O'Leary, Robert P. | 0001 | MTC-00030815
O'Leery, Jack | 0001 | MTC-00014390
O'Leery, Jack | 0001 | MTC-00032393
O'Mahoney, Kevin | 0001 | MTC-00016830
O'malley, Scott | 0001 | MTC-00024787
O'Meara, John D. | 0001 | MTC-00008840
O'Meara, Nathan | 0002 | MTC-00022526
O'Neal, C.W. | 0001 | MTC-00006671
O'Neal, Lola | 0001 | MTC-00011627
O'Neil, Arthur | 0001 | MTC-00030579
O'Neil, Scott | 0002 | MTC-00002386
O'Neill, Cliff | 0001 | MTC-00023466
O'Neill, John | 0001 | MTC-00012984
O'Neill, John | 0001 | MTC-00024879
O'Neill, Kevin | 0001 | MTC-00026691
O'Neill, Michael | 0002 | MTC-00020469
O'Neill, Michael J. | 0001 | MTC-00019401
O'Neill, Pete | 0001 | MTC-00027196
O'Neill, Thomas | 0001 | MTC-00020345
O'Rear, Robert | 0001 | MTC-00023288
O'Rear, Robert | 0001 | MTC-00006029
O'Reilly, Edward J. | 0001 | MTC-00024256
O'Reilly, Joanne | 0001 | MTC-00013213
O'Reilly, Robert W. | 0001 | MTC-00005936
O'reilly, Tim | 0002 | MTC-00003681
O'Riley, Catherine | 0001 | MTC-00013680
O'Roake, Louise | 0001 | MTC-00006692
O'Rourke, Chris | 0001 | MTC-00002250
O'Rourke, David | 0001 | MTC-00001485
O'Shaughnessy, Kevin | 0001 | MTC-00015185
O'Shea, Timothy | 0002 | MTC-00026841
O'Sullivan, Kevin | 0001 | MTC-00031194
O'Sullivan, Paul | 0002 | MTC-00029830
O'Tolle, Tom | 0002 | MTC-00028348
O'toole, Sean | 0001 | MTC-00032398
O'Toole, Steven | 0001 | MTC-00022892
O,Mara, Martin E. | 0001 | MTC-00015142
O/Connell, James | 0001 | MTC-00032386
Oakes, Charles | 0001 | MTC-00001083
Oakes, David | 0001 | MTC-00005193
Oakes, John | 0002 | MTC-00026389
Oakes, Josh | 0001 | MTC-00016854
Oakley, Berl R. | 0002 | MTC-00004431
Oakley, Bob | 0001 | MTC-00014174
Oakley, David J. | 0001 | MTC-00011713
Oalkeaf, Christopher | 0003 | MTC-00026750
Obal, Philip | 0001 | MTC-00001319
Obenchain, Charles | 0001 | MTC-00021193
Obenchain, Michael | 0001 | MTC-00016927
Ober, Jeff | 0001 | MTC-00003649
Oberkamp, Fred | 0002 | MTC-00008769
Oberlin, Steve | 0001 | MTC-00001159
Oberly, Joyce | 0001 | MTC-00012223
Obermeyer, Charles | 0001 | MTC-00025576
Obernauer, John | 0002 | MTC-00013477
Oberrender, Girard F. | 0001 | MTC-00007504
Oberst, Jeff | 0001 | MTC-00008855
Oblak, Carolyn | 0001 | MTC-00025453
Obregozo, Peter | 0001 | MTC-00020073
Obriant, Jerry | 0001 | MTC-00020267
Ocain, Lawton | 0001 | MTC-00030207
Ochel, Henry Jr. | 0001 | MTC-00030005
Ochoa, Janice and Frank | 0001 | MTC-00023670
Ochs, Abigail | 0001 | MTC-00009814
Ochsner, Paul | 0001 | MTC-00021687
Ochsner, Paul | 0001 | MTC-00013077
Ockerbloom, Adelia | 0001 | MTC-00031336
OCP2332@ aol.com | 0001 | MTC-00007837
Ocsirf, Esor | 0002 | MTC-00003682
Odau, Patricia | 0001 | MTC-00000885
Odegard, Erik | 0001 | MTC-00004023
Odegard, Mike | 0001 | MTC-00003843
Odem, Steve | 0001 | MTC-00000140
Odenheimer, Marie L. | 0001 | MTC-00029549
Odenthal, Conrad | 0001 | MTC-00032891
Odgis, Jeff | 0001 | MTC-00018237
Odiam, Carl | 0001 | MTC-00007715
Odoi, Mas | 0001 | MTC-00029540
Odom Jr, Ruben | 0001 | MTC-00003546
Odom, David G. | 0001 | MTC-00008702
Odom, Duane | 0001 | MTC-00010819
Odom, Ruben | 0001 | MTC-00005839
Odood, Alexnader | 0001 | MTC-00001451
Oedone, Vincent | 0001 | MTC-00031001
Oehme, Bill | 0001 | MTC-00014161
Oekerman, Victor | 0001 | MTC-00007376
Oekerman, Victor E. | 0001 | MTC-00023028
Oelin, Frank | 0001 | MTC-00016083
Oetken, Erwin | 0001 | MTC-00029924
Oettinger, Carl | 0001 | MTC-00007351
Offer, Paul | 0002 | MTC-00032204
Offitt, Beverly | 0001 | MTC-00028545
Oflaherty, Michael | 0001 | MTC-00009059
Ogburn, Lois | 0001 | MTC-00007960
Ogden, Greg | 0001 | MTC-00007563
Ogden, Jon | 0001 | MTC-00014206
Ogden, Kim | 0001 | MTC-00029101
Ogden, William A. | 0002 | MTC-00004117
ogden, William A. | 0003 | MTC-00013390
Ogg, Robert | 0001 | MTC-00024885
Ogle, Craig | 0001 | MTC-00004727
Ogle, Paul W. | 0001 | MTC-00006614
Ogles, David | 0001 | MTC-00031869
Oglesby, John | 0001 | MTC-00022954
Ogletree, Joe | 0001 | MTC-00021034
Ogulin, Joseph | 0001 | MTC-00003092
Ogulin, Joseph P. | 0001 | MTC-00012404
Ogus, William | 0001 | MTC-00015999
Ohl, Michael | 0001 | MTC-00031006
Ohl, Michael | 0001 | MTC-00006111
Ohland, Kevin | 0001 | MTC-00030704
Ohlander, Ron | 0002 | MTC-00028688
Ohlmann, Marylyn | 0001 | MTC-00023906
Ohment, Steven | 0001 | MTC-00025372
Ohmeryhew@ aol.com | 0001 | MTC-00005959
Ohnheiser, Lawrence | 0001 | MTC-00025083
Oien, Al | 0001 | MTC-00025700
Oja, Gary | 0001 | MTC-00029171
Okafur, Chuka | 0001 | MTC-00009340
Okubu, Hikaru | 0001 | MTC-00008179
Okumara, Kirk | 0001 | MTC-00028954
OKUNMD@ aol.com | 0001 | MTC-00013146
Okuyama, Darin H. | 0001 | MTC-00026891
Olafson, Kenneth | 0001 | MTC-00028026
old3putter@ aol.com | 0001 | MTC-00008148
Olding, Nigel | 0001 | MTC-00017122
Oldman, Murray | 0001 | MTC-00005556
Oldroyd, Cathey | 0002 | MTC-00031570
Olecheck, Sheryl | 0001 | MTC-00030941
Olegar, David | 0001 | MTC-00023806
Olegar, David | 0001 | MTC-00000858
Olegar, David | 0001 | MTC-00000859
Olegar, Davis | 0001 | MTC-00033335
Olend, Peter | 0002 | MTC-00028327
OlerWhite, Wilma | 0001 | MTC-00022345
Oleson, Brent | 0001 | MTC-00030493
Oleson, Kiel | 0001 | MTC-00023523
Olguin, Javier | 0004 | MTC-00004070
olhafner | 0001 | MTC-00021379
Olhaver, Jon | 0001 | MTC-00022493
Olinger, Keith | 0001 | MTC-00008012
Oliva, Pablo | 0002 | MTC-00003799
Oliva, Pablo | 0002 | MTC-00033818
Oliva, Skip | 0003 | MTC-00027333
olive70@ juno.com | 0001 | MTC-00026383
Oliver, Andrew C. | 0001 | MTC-00000820
Oliver, Andy | 0001 | MTC-00028462
Oliver, Don | 0001 | MTC-00019904
Oliver, Don | 0001 | MTC-00000761
Oliver, Jim | 0001 | MTC-00008883
Oliver, John | 0001 | MTC-00018593
Oliver, Marla Lewis | 0001 | MTC-00011862
Oliver, Nicholas | 0001 | MTC-00031819
Oliver, Phil | 0002 | MTC-00021771
Oliver, Rocky | 0002 | MTC-00033162
Oliver, Shaun | 0001 | MTC-00029492
Oliver, Ted | 0001 | MTC-00017220
Oliveri, Mark | 0001 | MTC-00011068
Olivers, Howard | 0001 | MTC-00026506
Olivier, Lia | 0001 | MTC-00014804
Olivieri, Lia | 0001 | MTC-00012218
Ollerenshaw, Richard | 0001 | MTC-00004180
Olliver, Vik | 0001 | MTC-00001080
Ollodart, Peter | 0001 | MTC-00025241
Olmsted, Ben | 0001 | MTC-00014202
Olofson, Paul | 0003 | MTC-00027266
Olsby, Donald E. | 0001 | MTC-00012067
Olsby, Donald E. | 0001 | MTC-00006754
Olsen, Arne | 0002 | MTC-00033204
Olsen, Brian | 0001 | MTC-00016918
Olsen, Chad | 0002 | MTC-00031914
Olsen, Charles | 0001 | MTC-00013187
Olsen, Greg | 0001 | MTC-00011830
Olsen, Lorin | 0002 | MTC-00000817
Olsen, Martin R. | 0001 | MTC-00009018
Olsen, Mildred | 0001 | MTC-00027582
Olsen, Peter | 0001 | MTC-00003558
Olsen, Peter | 0001 | MTC-00009342
Olsen, Peter | 0001 | MTC-00020794
Olsen, Ralph | 0001 | MTC-00000163
Olsen, S. | 0001 | MTC-00023756
Olsen, Tony K. | 0002 | MTC-00012959
Olson, Brian | 0001 | MTC-00030253
Olson, Brian | 0001 | MTC-00006162
Olson, Chris | 0001 | MTC-00000898
Olson, Cynthia | 0001 | MTC-00011920
Olson, Duane L. | 0001 | MTC-00004799
Olson, Elmer A. | 0001 | MTC-00026744
Olson, Eric | 0001 | MTC-00014833
Olson, Gary | 0001 | MTC-00008610
Olson, Gene | 0001 | MTC-00018218
Olson, Greg | 0001 | MTC-00011798
Olson, Jane | 0001 | MTC-00011165
Olson, Jay | 0001 | MTC-00001900
Olson, Jeffrey | 0001 | MTC-00029899
Olson, Jim | 0001 | MTC-00007765
Olson, Joseph | 0001 | MTC-00022193
Olson, Lee | 0001 | MTC-00015601
Olson, Lloyd | 0001 | MTC-00006077
Olson, Lloyd | 0001 | MTC-00001981
Olson, Lloyd | 0001 | MTC-00004379
Olson, Lloyd | 0001 | MTC-00001011
Olson, Marie | 0001 | MTC-00030565
Olson, Mark | 0001 | MTC-00006437
Olson, Matthew | 0003 | MTC-00000933
Olson, Matthew | 0001 | MTC-00016435
Olson, Nicholas | 0001 | MTC-00031340
Olson, Paul | 0001 | MTC-00018518
Olson, Quentin | 0001 | MTC-00018886
Olson, Todd | 0001 | MTC-00026754
Olson, Todd | 0005 | MTC-00027620
olssoneric@ hotmail.com | 0001 | MTC-00010935
Olszewski, James | 0002 | MTC-00001179
Olthoff, John | 0001 | MTC-00010151
Olyer, Carol | 0001 | MTC-00029104
Omta, Lela | 0001 | MTC-00006901
Omta, Lela | 0001 | MTC-00025607
mta, Lela | 0001 | MTC-00012374
Onalan, Alp | 0001 | MTC-00013712
Ondell, Paul | 0001 | MTC-00007515
One, Marc | 0001 | MTC-00000393
ONEFASTED@ aol.com | 0001 | MTC-00007368
Oneil, William | 0001 | MTC-00007936
Oneto, Robert | 0005 | MTC-00019158
Ong, Ronny | 0002 | MTC-00004854
Onofrietti, Phyllis | 0001 | MTC-00005337
onrobb@ brightok.net | 0001 | MTC-00017224
Onstad, Mask | 0001 | MTC-00017755
Ontmar, Homer L. | 0001 | MTC-00025411
Opavska, Maya | 0001 | MTC-00008844
Opfer, John | 0001 | MTC-00014492
Opificins, Julian | 0001 | MTC-00004199
Opnotic | 0001 | MTC-00002715
Opnotic | 0001 | MTC-00002897
Oppel, Glenn | 0001 | MTC-00032132
Oppel, Jason | 0001 | MTC-00015236
Oppenheimer, Alan | 0001 | MTC-00019486
Opyt, Barbara | 0001 | MTC-00023271
Oquist, Matt | 0001 | MTC-00018363
Orbegoso, Donna | 0001 | MTC-00023557
Orben, W | 0001 | MTC-00032727
Orchard, Ian | 0001 | MTC-00002116
Orcutt, James | 0001 | MTC-00032800
Ordonez, Isaac | 0001 | MTC-00010843
Ordorica, Anthony | 0001 | MTC-00017823
Orell, Brian D. | 0001 | MTC-00016796
Oresky, Darcy | 0001 | MTC-00013501
Orff, Richard A. | 0002 | MTC-00019774
Organ, Brock | 0001 | MTC-00015308
Organ, Don | 0001 | MTC-00022607
Orgeman, David | 0001 | MTC-00015540
Orlancella, John W. | 0001 | MTC-00028758
Orlick, Joe | 0002 | MTC-00011845
Orlosky, Ed | 0001 | MTC-00002129
Orman, David | 0001 | MTC-00016290
ormetony@ hotmail.com | 0001 | MTC-00024786
Orn, Jerry | 0001 | MTC-00006938
Orn, Jerry | 0001 | MTC-00003356
ORourke, Mike | 0001 | MTC-00000324
Orpeza, Jenny | 0002 | MTC-00009925
Orphanos, Paul | 0002 | MTC-00003737
Orr, Connie | 0001 | MTC-00020670
Orr, Helen | 0002 | MTC-00033459
Orr, Mark | 0001 | MTC-00024009
Orr, Marvin L. | 0001 | MTC-00012138
Orr, Steve | 0001 | MTC-00007411
Orr, Steven | 0002 | MTC-00004928
Orser, Lynn | 0001 | MTC-00005213
Orsini, Rob | 0001 | MTC-00018296
Orth, John | 0001 | MTC-00020585
Ortiz, Alsida | 0002 | MTC-00027954
Ortiz, Cesar | 0002 | MTC-00027942
Ortiz, Eddie | 0002 | MTC-00028008
Ortiz, Gigi | 0001 | MTC-00028013
Ortiz, Janie | 0002 | MTC-00027974
Ortiz, Jose | 0001 | MTC-00015545
Ortiz, Joseph | 0001 | MTC-00027966
Ortiz, Marylin | 0001 | MTC-00027989
Ortiz, Oscar | 0001 | MTC-00031909
Ortiz, Romeo | 0002 | MTC-00027995
Ortner, Anthony | 0001 | MTC-00021172
Orton, Michael | 0001 | MTC-00012272
Orton, Steve and Suzanne | 0002 | MTC-00028328
orum, Karen E. | 0001 | MTC-00007844
Orzech, Joshua | 0001 | MTC-00001619
Orzech, Joshua | 0002 | MTC-00004936
Orzech, Mark | 0001 | MTC-00006261
Osborn, Gary and Mary | 0001 | MTC-00026083
Osborn, Jeff | 0001 | MTC-00019549
Osborn, John | 0002 | MTC-00019437
Osborn, Ronald J. | 0001 | MTC-00010956
Osborn, Stephen M and Adrienne G. | 0001 | MTC-00027046
Osborne, Allan G. | 0001 | MTC-00029312
Osborne, Janice | 0001 | MTC-00028873
Osborne, John | 0001 | MTC-00012913
Osborne, Kathleen | 0002 | MTC-00014189
Osbourne, Mark | 0001 | MTC-00020755
Osburn, Joel | 0002 | MTC-00024660
Oscar, Vela | 0001 | MTC-00000502
Osgood, Charles | 0001 | MTC-00020980
Osgood, Jason | 0001 | MTC-00003239
Oshea, Jerry | 0001 | MTC-00026209
Osheroff, Pete | 0001 | MTC-00019229
Oshita, Larry | 0001 | MTC-00025485
Osman, Ray | 0001 | MTC-00006944
Osmolskis, Tadas | 0001 | MTC-00016350
Osolkowski, Larry | 0001 | MTC-00015282
Ossenbruggen, Paul | 0001 | MTC-00002359
Osteen, James | 0001 | MTC-00010617
Osterhout, Robert | 0001 | MTC-00005139
Osterhues, Paul | 0001 | MTC-00012388
Ostertag, Sam | 0001 | MTC-00011359
Ostertag, Samuel | 0001 | MTC-00005351
Ostravich, Greg | 0001 | MTC-00001471
Ostrom, Ardis | 0001 | MTC-00005547
Ostrowski, Michal | 0002 | MTC-00003596
Oswald, Dain G. | 0002 | MTC-00019911
Oswald, John | 0001 | MTC-00002445
Oswald, Matthew | 0001 | MTC-00019784
Otersen, Anne | 0001 | MTC-00030260
Otis, Rich | 0001 | MTC-00031881
Otoole, sean | 0001 | MTC-00009073
Ott, David | 0002 | MTC-00033064
Ott, Gary D. | 0001 | MTC-00022088
Otte, Andy | 0001 | MTC-00020686
Otte, Ervin G. | 0001 | MTC-00026828
Otte, Richard | 0001 | MTC-00018580
Otterson, Jeff | 0001 | MTC-00016065
Otterstrom, Rich | 0001 | MTC-00010369
Ottley, Jerold | 0002 | MTC-00032236
Otto | 0001 | MTC-00023313
Otto, J. C. | 0001 | MTC-00007512
Otto, John | 0001 | MTC-00012578
Otto, Steve | 0001 | MTC-00016882
Otwell, Ken | 0002 | MTC-00005047
Oualline, Steve | 0002 | MTC-00009826
Oubre, John | 0002 | MTC-00032480
Ouedraogo, Nicolas | 0004 | MTC-00027706
Ouellette, Daniel | 0001 | MTC-00001989
Oughton, Tom | 0002 | MTC-00013773
Ourisman, David | 0001 | MTC-00025307
Ours, Susanne | 0001 | MTC-00009598
OUrsland, Alan | 0001 | MTC-00017247
Ousterhout, John | 0002 | MTC-00016749
Ousterman, Walter | 0001 | MTC-00031907
Outsieber | 0001 | MTC-00011278
Ouzts, John A. | 0001 | MTC-00012801
Overbeck, Randy | 0001 | MTC-00016894
Overberg, Kurt | 0001 | MTC-00018852
Overbo, Mike | 0001 | MTC-00016929
Overdier, George | 0001 | MTC-00003867
Overfelt, Dave S. | 0001 | MTC-00030724
Overholser, Mark | 0001 | MTC-00010312
Overleese, John J. | 0001 | MTC-00006426
Overler, Robert L. | 0001 | MTC-00009447
Overly, James | 0002 | MTC-00018074
Overman, Cogan | 0001 | MTC-00029682
Overman, Steve | 0001 | MTC-00014290
Overman, Suzie | 0001 | MTC-00011257
Overson, D. S. | 0001 | MTC-00007373
Overstreet, james F. | 0001 | MTC-00008426
Overton, Alan | 0001 | MTC-00016330
Overton, Michael | 0001 | MTC-00001635
Overton, Michael | 0001 | MTC-00014372
Overwyk, Marinus | 0001 | MTC-00007623
Owen | 0001 | MTC-00023678
Owen, Betty | 0001 | MTC-00033845
Owen, Chris | 0001 | MTC-00018382
Owen, Christopher | 0001 | MTC-00020349
Owen, Dave | 0002 | MTC-00003995
Owen, Dave | 0002 | MTC-00018993
Owen, Howard | 0003 | MTC-00003680
Owen, J. Todd | 0001 | MTC-00015554
Owen, Kenneth | 0001 | MTC-00010505
Owen, Kurt | 0001 | MTC-00012729
Owen, Mike | 0002 | MTC-00014796
Owen, Sandy | 0001 | MTC-00026821
Owen, Tom | 0003 | MTC-00012607
Owen, Tulita | 0001 | MTC-00007500
Owens, Bill | 0001 | MTC-00016198
Owens, David | 0001 | MTC-00009190
Owens, Desmond | 0001 | MTC-00028498
Owens, Gene | 0001 | MTC-00005078
Owens, Hubert | 0001 | MTC-00032644
Owens, Joyce | 0001 | MTC-00008951
Owens, Lou | 0001 | MTC-00004586
Owens, Mike | 0001 | MTC-00017844
Owens, Robert | 0001 | MTC-00012216
Owens, Shelley | 0001 | MTC-00013030
Owens, Shelley | 0001 | MTC-00020675
Owens, William | 0001 | MTC-00000921
Owens, William E. | 0001 | MTC-00025378
Ownbey, Larry | 0001 | MTC-00007843
Ownby, Ray | 0001 | MTC-00022266
owner@ thehitchgroup.com | 0001 | MTC-00017341
Owsiany, David | 0002 | MTC-00024876
Owsiany, David J. | 0003 | MTC-00024760
ox2LiebesLuder2xo@ hotmail.com | 0001 | MTC-00002455
Oxenreider, Chris | 0004 | MTC-00027253
Oxford, Ron | 0002 | MTC-00022128
Oxford, Ron | 0002 | MTC-00018991
Oxford, Sandra | 0002 | MTC-00031175
Oxner, Edwin S. | 0001 | MTC-00025538
Oyer, J. | 0001 | MTC-00010516
Ozymandias | 0002 | MTC-00003889
P., Maurice | 0001 | MTC-00018123
p.luczka@ ieee.org | 0001 | MTC-00028189
p825j@ aol.com | 0001 | MTC-00001215
Paavola, William | 0001 | MTC-00000247
Pace, Doyle | 0001 | MTC-00021372
Pace, Lisa | 0001 | MTC-00030871
Pace, Peter | 0001 | MTC-00032078
Pacheco, Peter | 0001 | MTC-00012972
Pachik, Kurt D. | 0001 | MTC-00018858
Pachla, Karen | 0001 | MTC-00024110
Paciaffi, Dewey | 0001 | MTC-00017645
Paciullo, Cyril | 0001 | MTC-00007931
Pack, Beckie | 0001 | MTC-00022506
Packer, Beryl | 0001 | MTC-00025823
Pacow, Christopher | 0001 | MTC-00020382
Pacual, Jan Ernest | 0001 | MTC-00011220
Pacuarariu, Radu | 0001 | MTC-00012864
Padden, David | 0001 | MTC-00032798
Padden, Phillip | 0001 | MTC-00017476
Padfield, Jeremy | 0001 | MTC-00017588
Padgett, Ben | 0001 | MTC-00004359
Padgett, Stan | 0002 | MTC-00000219
Padgett, Walter | 0001 | MTC-00001156
Paeschke, Pichard | 0002 | MTC-00029911
Pafruti, Rugbuz | 0003 | MTC-00003801
Paganihi | 0001 | MTC-00026126
Page, Andrew M. | 0001 | MTC-00025449
Page, Don | 0001 | MTC-00032357
Page, Don | 0001 | MTC-00005200
Page, Ellen | 0001 | MTC-00006174
Page, Ellen | 0001 | MTC-00004342
Page, Frederick | 0001 | MTC-00009902
Page, Gary R. | 0001 | MTC-00001170
Page, Greg | 0001 | MTC-00018912
Page, Leslie | 0001 | MTC-00010675
Page, Nathan | 0001 | MTC-00027941
Page, Nicholas | 0001 | MTC-00006701
Page, Peggy | 0001 | MTC-00011581
Page, Randall | 0001 | MTC-00011721
Page, W. Scott | 0002 | MTC-00022741
Page, Will | 0001 | MTC-00000010
Paget, Nels | 0001 | MTC-00020386
Pagett, Hugh W. | 0001 | MTC-00009884
Pagge, Steve | 0001 | MTC-00027042
Pahlajani, Dan | 0001 | MTC-00013457
Paige, Ruth and Al | 0001 | MTC-00012788
Paight, Dan | 0001 | MTC-00014095
Painley, Raymond and Merle | 0001 | MTC-00006363
Pajetta, Richard | 0001 | MTC-00007632
Pakman, David | 0003 | MTC-00002225
Pakovic, Michael | 0002 | MTC-00027296
Pale, Addison | 0001 | MTC-00026391
Palen, Joe | 0001 | MTC-00023638
Palfini, Dorothy | 0001 | MTC-00031447
Palfini, Dorothy | 0001 | MTC-00030743
Palfini, Ted | 0001 | MTC-00006389
Palk, Justin Michael | 0002 | MTC-00003664
Pallette, Peter | 0001 | MTC-00007205
Pallette, Peter | 0001 | MTC-00012711
Palley, Igor and Maria | 0001 | MTC-00032866
Pallickal, Lindsay | 0001 | MTC-00019939
Palm Inc. | 0022 | MTC-00030613
Palma, Christine | 0001 | MTC-00019785
Palmer, Alan | 0002 | MTC-00018057
Palmer, Allen | 0001 | MTC-00012193
Palmer, Andrea | 0001 | MTC-00011725
Palmer, Barbara R. | 0001 | MTC-00009594
Palmer, Charles | 0001 | MTC-00011733
Palmer, Christopher | 0001 | MTC-00017088
Palmer, David | 0001 | MTC-00032557
Palmer, Dexter | 0001 | MTC-00016982
Palmer, E. | 0001 | MTC-00013584
Palmer, Ed | 0001 | MTC-00002241
Palmer, Gary | 0001 | MTC-00003526
Palmer, James F. | 0001 | MTC-00001416
Palmer, Jay | 0001 | MTC-00026504
Palmer, Joseph | 0001 | MTC-00022951
Palmer, Linda | 0001 | MTC-00002269
Palmer, Margaret | 0002 | MTC-00031906
Palmer, Mark | 0001 | MTC-00009293
Palmer, Rick | 0001 | MTC-00001821
Palmer, Thomas | 0001 | MTC-00022773
Palmer, Walter | 0001 | MTC-00013951
Palmere, WIlliam S. | 0001 | MTC-00026856
Palmo, Alexander | 0001 | MTC-00003654
Palmquist, Carolyn | 0001 | MTC-00028422
Palmstrom, Matti | 0001 | MTC-00023680
Paloheimeo Rolf | 0001 | MTC-00004389
Palopoli, Mike | 0001 | MTC-00000373
Paluchniak, T. | 0001 | MTC-00004394
Paluchniak, Thomas | 0002 | MTC-00013202
Paluchniak, Thomas | 0003 | MTC-00025789
Palumbo, Alice | 0002 | MTC-00033213
Palumbo, Anthony | 0001 | MTC-00004648
Palumbo, Eileen J. | 0001 | MTC-00009072
Palumbo, Eileen J. | 0001 | MTC-00027273
Palumbo, Philip | 0001 | MTC-00007802
Palumbo, Tony | 0001 | MTC-00008340
Palumbo, Tony | 0001 | MTC-00002376
Palumbo, Tony | 0002 | MTC-00002416
Palumbo, Tony | 0008 | MTC-00008670
Pamela Jasins | 0001 | MTC-00019706
Pampuch, John | 0001 | MTC-00000566
Panasuk, Steve | 0001 | MTC-00018913
Panceac, Cornel | 0001 | MTC-00002650
Pandre, Dan | 0002 | MTC-00005027
Pane, Fred | 0002 | MTC-00013173
Panganiban, Gerry | 0001 | MTC-00023235
Panger, Galen | 0001 | MTC-00025311
Panix | 0001 | MTC-00000412
Pankavich, Joan M. | 0001 | MTC-00009798
PanKavich, Joan M. | 0001 | MTC-00032473
Pankratz, H. | 0001 | MTC-00030594
Pankuch, Brian | 0001 | MTC-00004944
Pannisi, Sheldon | 0001 | MTC-00020265
Panoff, Robert M. | 0001 | MTC-00000332
Pantelic, Milan | 0001 | MTC-00026924
Panter, M.P. | 0001 | MTC-00007957
Pantin, Ramon | 0001 | MTC-00027536
Pantin, Ramon G. | 0037 | MTC-00029685
Panzanella, Marco | 0003 | MTC-00015409
Panzer, John | 0001 | MTC-00019885
Panzera, Michael | 0002 | MTC-00027619
Paoletti, Joseph | 0001 | MTC-00026149
Paolo@ TheCornerStore.com | 0001 | MTC-00011300
Paoloemilio, John | 0001 | MTC-00021541
Paoloemilio, John | 0001 | MTC-00009496
Pap, Bob | 0001 | MTC-00005945
Pap, Victor III | 0001 | MTC-00009629
Pap, Victor III | 0001 | MTC-00009628
Papa, Frank | 0001 | MTC-00015536
Papa, James | 0001 | MTC-00025035
Papa, Vincent | 0001 | MTC-00029299
PAPA2SHORTS@ aol.com | 0001 | MTC-00014665
Papachristou, C. | 0001 | MTC-00016337
Papageorgiou, Demetris | 0001 | MTC-00011860
Papaioanna, Michael | 0001 | MTC-00005470
Papaleo, Todd | 0002 | MTC-00018964
Papanicolao, George J. | 0002 | MTC-00027937
Pape, Rodger | 0001 | MTC-00003222
Papp, George | 0001 | MTC-00026859
Pappas, Charles | 0001 | MTC-00009155
Pappas, Marc | 0001 | MTC-00031737
Pappin, James | 0002 | MTC-00025361
Papsdorf, Vivian | 0001 | MTC-00000624
Paquette, Art | 0001 | MTC-00001323
Paquette, Art | 0001 | MTC-00006758
Paquette, Robert | 0002 | MTC-00010579
Paquin, Brian T. | 0001 | MTC-00001201
Paquin, Charles-Etienne | 0002 | MTC-00001914
Parabs, Marlin E. | 0002 | MTC-00007466
Paradela, George | 0001 | MTC-00010042
Paradis, Zachary | 0001 | MTC-00024720
Paraiso, James | 0001 | MTC-00025783
Paramesh, Vivek | 0001 | MTC-00000169
Paranto, Arlen | 0001 | MTC-00011947
Paraso, Amor | 0002 | MTC-00028269
Paraso, Ariel | 0002 | MTC-00028316
Paraso, Debbie | 0002 | MTC-00028324
Paraso, Nimfa | 0002 | MTC-00028297
Parayil, Binu | 0001 | MTC-00016430
Parcells, Margaret | 0001 | MTC-00032013
Parchinski, Sharon | 0001 | MTC-00018836
Pardasani, Niranjan | 0002 | MTC-00026590
Parde, Duane | 0002 | MTC-00030278
Pardo, Mary | 0002 | MTC-00033152
Pardon, Luc | 0001 | MTC-00025798
Pareek, Sanjeev | 0001 | MTC-00030385
Parekh, Narendra | 0001 | MTC-00008212
Parekh, Vic | 0001 | MTC-00017857
Parent, Evelyn | 0002 | MTC-00030217
Parent, Linda | 0001 | MTC-00021917
Parfait, Christine | 0001 | MTC-00013015
Parfomak, Andrew | 0002 | MTC-00002702
Parham, Wally | 0003 | MTC-00001768
Parikh, David | 0002 | MTC-00027377
Parikh, Hetal | 0001 | MTC-00026884
Paris, Christopher | 0001 | MTC-00001104
Paris, Steve | 0001 | MTC-00026568
Parish, Bill | 0002 | MTC-00002679
Parish, Bill | 0005 | MTC-00004798
Parish, Scott | 0001 | MTC-00017440
Parisi, HC | 0001 | MTC-00027687
Park, Alan | 0001 | MTC-00021694
Park, Andrew | 0003 | MTC-00015709
Park, Christopher | 0001 | MTC-00016242
Park, Collin | 0002 | MTC-00031074
Park, Colllin | 0003 | MTC-00031073
Park, Daniel | 0001 | MTC-00013472
Park, Henry | 0001 | MTC-00025392
Park, I.E. | 0001 | MTC-00008386
Park, Jack | 0001 | MTC-00016229
Park, Jon | 0001 | MTC-00018490
Park, Leonard | 0002 | MTC-00022315
Park, Russ | 0001 | MTC-00024606
Park, William | 0001 | MTC-00028051
Parkan, John Michael | 0001 | MTC-00012820
Parker Jr., John | 0001 | MTC-00030539
Parker, Betty | 0001 | MTC-00020997
Parker, Billy | 0001 | MTC-00029092
Parker, Brent | 0001 | MTC-00014388
Parker, C. J. | 0002 | MTC-00011209
Parker, Charlie | 0001 | MTC-00010716
Parker, Chris | 0001 | MTC-00017731
Parker, David | 0001 | MTC-00025510
Parker, David | 0001 | MTC-00022490
Parker, James | 0001 | MTC-00023783
Parker, James | 0001 | MTC-00032695
Parker, Jason | 0001 | MTC-00015109
Parker, Jerry | 0001 | MTC-00030766
Parker, Joanna | 0003 | MTC-00028847
Parker, Joe | 0001 | MTC-00031929
Parker, Jonathan | 0001 | MTC-00002812
Parker, Kahtleen K. | 0001 | MTC-00030313
Parker, Kenneth | 0001 | MTC-00007063
Parker, Kenneth R. | 0001 | MTC-00007938
Parker, Larry | 0001 | MTC-00023573
Parker, Marion | 0001 | MTC-00009701
Parker, Mark | 0001 | MTC-00018455
Parker, Michael | 0001 | MTC-00027229
Parker, Michael P. | 0001 | MTC-00009278
Parker, Michelle | 0001 | MTC-00020721
Parker, Mildred | 0001 | MTC-00022033
Parker, Murray | 0001 | MTC-00012416
Parker, Murray | 0001 | MTC-00022826
Parker, Philip | 0001 | MTC-00024618
Parker, Robert | 0001 | MTC-00015256
Parker, Robert | 0001 | MTC-00003534
Parker, Robert I. | 0001 | MTC-00009189
Parker, Russell | 0001 | MTC-00004778
Parker, Sheila | 0002 | MTC-00021897
Parker, Stan | 0007 | MTC-00029982
Parker, Steve | 0002 | MTC-00000429
Parker, Steve | 0001 | MTC-00006306
Parker, Steve | 0001 | MTC-00011811
Parker, Steve | 0001 | MTC-00026171
Parker, Thomas | 0001 | MTC-00018353
Parker, William | 0001 | MTC-00003847
Parker-Fasel, Aaron | 0001 | MTC-00020209
Parkes, Ethel | 0001 | MTC-00024835
Parkhill, Thomas | 0001 | MTC-00027236
Parkins, Bill | 0001 | MTC-00014157
Parkkinen, Paavo | 0001 | MTC-00026765
Parks, Bruce | 0001 | MTC-00019213
Parks, Chuck | 0001 | MTC-00014561
Parks, Eldridge | 0001 | MTC-00029971
Parks, Louis | 0001 | MTC-00010761
Parks, Pete | 0001 | MTC-00004502
parksrs@ swbell.net | 0001 | MTC-00014576
Parlante, Nick | 0003 | MTC-00029065
Parlo, Joe | 0002 | MTC-00003049
Parlow, Marlene | 0001 | MTC-00011509
Parmater, Jon | 0001 | MTC-00027240
Parnes, Bob | 0001 | MTC-00019128
Parnette, Joseph | 0001 | MTC-00025048
Parr, Randall J. | 0001 | MTC-00023052
Parradee, William | 0001 | MTC-00025260
Parrillo, Joseph L. | 0001 | MTC-00023712
Parrinello, Chris | 0003 | MTC-00016217
Parris, Tom | 0001 | MTC-00030877
Parrish, Charles M. | 0001 | MTC-00028820
Parrish, J. Edwin | 0001 | MTC-00014214
Parrish, Joseph | 0002 | MTC-00032453
Parrish, Wendell | 0001 | MTC-00025313
Parrott, Charles | 0002 | MTC-00032653
Parrott, Stephen | 0001 | MTC-00000108
Parry, Chris | 0001 | MTC-00018688
Parry, Diane | 0001 | MTC-00008343
Parry, Don | 0001 | MTC-00028020
Parry, Paul H. | 0002 | MTC-00025106
Parry, Sue | 0001 | MTC-00022353
Parsh, Dave | 0001 | MTC-00028363
Parson, Connie | 0001 | MTC-00020885
Parsons, David | 0001 | MTC-00005051
Parsons, Dean | 0001 | MTC-00012003
Parsons, Melissa | 0001 | MTC-00014800
Parsons, Ray | 0002 | MTC-00005155
Parsons, Richard | 0001 | MTC-00012498
Parsons, Robert G. | 0002 | MTC-00005283
Parsons, Sean | 0002 | MTC-00005259
Parsons, Steve | 0001 | MTC-00009737
Parsons, Thomas G. | 0002 | MTC-00023061
Parsons, Tom | 0001 | MTC-00012697
Partezana, Chris | 0001 | MTC-00011158
Partida, Reuben | 0001 | MTC-00015945
Partipilo, Frank | 0001 | MTC-00024708
Partridge, Charlotte | 0001 | MTC-00015207
Partridge, Ken | 0001 | MTC-00005242
Partridge, Rand | 0001 | MTC-00015128
Partridge, Rand | 0001 | MTC-00000520
Partridge, Todd | 0001 | MTC-00023284
Partsch, Michael | 0001 | MTC-00013893
Partyka, Marlene | 0001 | MTC-00029567
Parziale, John | 0001 | MTC-00004198
Pasciutti, Lawrence | 0001 | MTC-00002388
Pascucci, Jason | 0001 | MTC-00020288
Pasenelli, George and Burdena | 0001 | MTC-00007386
pasilst@ aol.com | 0001 | MTC-00014322
Pasky, Joe | 0001 | MTC-00020928
Pasqualini, David A. | 0001 | MTC-00028250
pasqualini@ hotmail.com | 0001 | MTC-00010349
Passannante, John | 0001 | MTC-00003163
Passino, Shirley | 0001 | MTC-00030149
Passman, Barbara | 0001 | MTC-00002134
Past, Charles I. | 0001 | MTC-00027034
Pastone, Jeremy | 0001 | MTC-00015692
Pastor, Sergio | 0001 | MTC-00021902
Pastorino, Ray | 0001 | MTC-00006719
Pastuszak, Andy | 0002 | MTC-00015269
Pasulka, Andy | 0001 | MTC-00026680
Pat, Steven | 0001 | MTC-00017091
Pataki, Elaine | 0001 | MTC-00031304
patandal@ asapnet.net | 0001 | MTC-00028613
Patchen, Robin | 0001 | MTC-00022373
Patchen, Steve | 0001 | MTC-00006850
patcl@ wt6.usdoj.gov | 0001 | MTC-00019284
Pate, Richard | 0001 | MTC-00013182
Pate, Tom | 0001 | MTC-00005250
Patel, Ameesh | 0001 | MTC-00019346
Patel, Bhanue | 0003 | MTC-00028755
Patel, Dhaval | 0001 | MTC-00015593
Patel, Hermant C. | 0001 | MTC-00025901
Patel, Narenda | 0003 | MTC-00030745
Patel, Ravi | 0001 | MTC-00007273
Patel, Thakor G. | 0001 | MTC-00011404
Patel, Thakor G. | 0001 | MTC-00005814
Paterson, Ian J. | 0001 | MTC-00033516
Paterson, Murray | 0001 | MTC-00009388
Patil, Ram | 0001 | MTC-00031648
patinmur@ aol.com | 0001 | MTC-00028164
Patitucci, Frank | 0002 | MTC-00027812
Patlidzanov, Ilia | 0001 | MTC-00009087
Patm378@ aol.com | 0001 | MTC-00007535
patmackn@ erols.com | 0001 | MTC-00010447
Paton, Brad | 0003 | MTC-00000869
Patricia B. | 0001 | MTC-00022720
patricia.spaleta@ iz1.com | 0001 | MTC-00014572
Patrick | 0001 | MTC-00001071
Patrick, Bryan E. | 0001 | MTC-00018365
Patrick, Clifton | 0001 | MTC-00009511
Patrick, Daly | 0001 | MTC-00025395
Patrick, Faye | 0001 | MTC-00026045
Patrick, Kevin | 0001 | MTC-00006854
Patrick, Lucille | 0001 | MTC-00010166
Patrick, Stephanie | 0001 | MTC-00030939
patrickplozk@ aol.com | 0001 | MTC-00028636
Patridge, Donald | 0001 | MTC-00002642
Patrum, Frank | 0002 | MTC-00016654
Pats413@ aol.com | 0001 | MTC-00005930
Pats413@ aol.com | 0001 | MTC-00011686
Pats413@ aol.com | 0001 | MTC-00003920
Patsy.Sampson@ worldnet.att.net | 0001 | MTC-00010474
Patten, Betsey | 0001 | MTC-00033702
Patterson, Aaron | 0001 | MTC-00016186
Patterson, Bob | 0001 | MTC-00020718
Patterson, Bob | 0002 | MTC-00028028
Patterson, Bob and Judy | 0001 | MTC-00009360
Patterson, Charles | 0002 | MTC-00033111
Patterson, Clayton | 0002 | MTC-00033462
Patterson, Dale | 0001 | MTC-00022238
Patterson, G. D. | 0001 | MTC-00007256
Patterson, Glenn | 0001 | MTC-00016224
Patterson, Jim | 0001 | MTC-00019261
Patterson, Joseph | 0001 | MTC-00014014
Patterson, Judy | 0001 | MTC-00020709
Patterson, Kenneth | 0001 | MTC-00013031
Patterson, Michael | 0002 | MTC-00033244
Patterson, Paul and Julie | 0001 | MTC-00020827
Patterson, Phil E. | 0001 | MTC-00010711
Patterson, Robert J. II | 0004 | MTC-00027581
Patterson, S.L. | 0001 | MTC-00011942
Patterson, Stephen | 0001 | MTC-00029143
Patti, Tony | 0001 | MTC-00000195
Pattiz, Jay | 0001 | MTC-00012229
Patton, Kata | 0001 | MTC-00008373
Patton, Kirk | 0001 | MTC-00015761
Patton, Kyle L. | 0001 | MTC-00006293
Patton, Simeon | 0001 | MTC-00004676
Pau, Sumit | 0001 | MTC-00008252
Paul | 0001 | MTC-00005735
Paul | 0001 | MTC-00000581
Paul | 0002 | MTC-00032366
Paul McKinnie | 0001 | MTC-00019709
Paul, Ira | 0001 | MTC-00012204
Paul, Ira | 0001 | MTC-00032655
Paul, Joe | 0001 | MTC-00001756
Paul, Linda | 0001 | MTC-00009003
Paul, Mack | 0001 | MTC-00031832
Paul, Michael | 0001 | MTC-00020730
Paul, Pam | 0001 | MTC-00000423
Paul, Rand | 0001 | MTC-00014693
Paul, Ray | 0001 | MTC-00007112
Paul, Richard | 0001 | MTC-00010671
Paul, Steven | 0001 | MTC-00025326
paul-henry.hyppolite@ sandvik.com | 0001 | MTC-00017229
Paul.Belt@ LibertyMutual.com | 0001 | MTC-00015344
paulbarker—1@ yahoo.com | 0001 | MTC-00028620
Pauli, Richard | 0001 | MTC-00020212
Paulick, Nicholas | 0001 | MTC-00017696
Paulin, Jeff | 0001 | MTC-00006406
Pauline, Jim | 0001 | MTC-00006576
Paulk, Ron | 0001 | MTC-00029471
Paulo, Joe | 0002 | MTC-00026260
Paulporn | 0001 | MTC-00032250
Pauls401@ aol.com | 0001 | MTC-00005497
Paulson, John | 0003 | MTC-00033545
Paulson, John | 0003 | MTC-00027458
Paulus, Owen | 0001 | MTC-00006967
Pausch, Jerry | 0002 | MTC-00033311
Pause, Craig | 0001 | MTC-00023953
Pause, G. and Brown, Triniolud | 0001 | MTC-00033413
Pauser, Lee | 0002 | MTC-00002912
Pauwels Sr., Bill | 0002 | MTC-00032724
Pauwels, William A. Jr. | 0001 | MTC-00012371
Pavao, Aaron | 0001 | MTC-00016393
Pavelchek, Andrew | 0001 | MTC-00017991
Pavia, Nick and Dorothy | 0001 | MTC-00031859
Pavlicek, Russell | 0001 | MTC-00028690
Pavlik, Paul | 0001 | MTC-00019635
Pavlo, Joe | 0002 | MTC-00003391
Pavloski, Cuetan | 0003 | MTC-00030636
Pavlow, Marlene | 0001 | MTC-00006012
PAwlack, Betty | 0002 | MTC-00033606
Pawlan, Norman | 0001 | MTC-00006556
Pawlenty, Tim | 0001 | MTC-00028437
Pawlenty, Tim | 0001 | MTC-00029811
Pawson, Duane | 0001 | MTC-00016598
Pawson, Jerri | 0002 | MTC-00030108
Paxton, Gareth | 0002 | MTC-00026642
Paxton, James | 0001 | MTC-00005132
Paylor, Steve | 0001 | MTC-00005942
Payne, Antwan L. | 0001 | MTC-00001042
Payne, Barbara | 0001 | MTC-00027156
Payne, David | 0001 | MTC-00031714
Payne, Evelyn H. | 0001 | MTC-00011989
Payne, James | 0001 | MTC-00028775
Payne, Jean | 0001 | MTC-00023856
Payne, Jean | 0001 | MTC-00033356
Payne, Kenneth | 0001 | MTC-00013418
Payne, Kerry | 0001 | MTC-00017007
Payne, Maurice | 0001 | MTC-00023309
Payne, Michael | 0001 | MTC-00030886
Payne, Patrick | 0002 | MTC-00033191
Payne, Ralph | 0001 | MTC-00030879
Payne, Ronald | 0001 | MTC-00014077
Payne, Scott | 0002 | MTC-00006276
Payne, Ted | 0002 | MTC-00032319
Payne, Timothy | 0001 | MTC-00002930
Paynter, Skip | 0001 | MTC-00020315
Payton, Marilyn | 0001 | MTC-00013230
Payton, Noah | 0001 | MTC-00019562
Pazevic, Anastas | 0002 | MTC-00026981
Pccorral | 0001 | MTC-00008705
pcdad@ optonline.net | 0001 | MTC-00021428
pcross@ gcc.com | 0001 | MTC-00016838
pdnRPH@ worldnet.att.net | 0001 | MTC-00011430
PDonoso@ amanet.org | 0001 | MTC-00028682
pdp216@ msn.com | 0001 | MTC-00028147
pdp216@ msn.com | 0001 | MTC-00028151
pdunn70065@ yahoo.com | 0001 | MTC-00012749
Peace, Barb | 0001 | MTC-00023764
Peace, Louanna | 0001 | MTC-00024539
Peacock, Alen | 0001 | MTC-00015642
Peacock, Charles | 0001 | MTC-00006101
Peacock, David | 0001 | MTC-00003705
Peacock, Geoff | 0001 | MTC-00016372
Peake, Ron | 0001 | MTC-00020096
Pear, Matt | 0001 | MTC-00016844
Pearce, Angela | 0002 | MTC-00020068
Pearce, Brandon | 0002 | MTC-00017836
Pearce, Chris | 0001 | MTC-00003090
Pearce, Jeff | 0001 | MTC-00011467
Pearce, Jim | 0002 | MTC-00018574
Pearce, Mike and Hazel | 0001 | MTC-00007153
Pearce, Robert | 0001 | MTC-00007079
Pearce, Robert and Dixie | 0001 | MTC-00011890
Pearey, David | 0003 | MTC-00001663
Pearl, Kerry | 0001 | MTC-00006333
Pearl, William T. | 0002 | MTC-00019586
Pearlman Jef | 0001 | MTC-00027842
Pearlmutter, Barak | 0001 | MTC-00018161
Pearlson, Renee | 0001 | MTC-00032693
Pearlstein, Arona | 0002 | MTC-00020700
Pearre, Ben | 0001 | MTC-00004110
Pearre, Ben | 0001 | MTC-00001639
Pearre, Ben | 0001 | MTC-00001359
Pearsall, David | 0001 | MTC-00021554
Pearsall, Patti | 0001 | MTC-00021550
Pearson, Alden and Anna | 0003 | MTC-00031945
Pearson, Conrad | 0001 | MTC-00009546
Pearson, Elizabeth | 0001 | MTC-00010500
Pearson, Lois | 0001 | MTC-00025681
Pearson, Merle | 0001 | MTC-00013916
Pearson, Victor | 0001 | MTC-00011651
Pearson, William | 0002 | MTC-00009837
Pearson, William H. | 0001 | MTC-00012029
Pease, George and Valerie | 0001 | MTC-00029056
Pease, Michael | 0001 | MTC-00019115
Peavy, Derrick | 0001 | MTC-00032772
Peay, Michael | 0001 | MTC-00018570
Peca, Anthony | 0001 | MTC-00033707
Pech, David | 0001 | MTC-00032136
Peck, Andrew | 0001 | MTC-00004103
Peck, Chuck | 0001 | MTC-00022343
Peck, Geoffry | 0004 | MTC-00029528
Peck, Greg | 0001 | MTC-00009435
Peck, Richard | 0001 | MTC-00032913
Peck, Tom | 0001 | MTC-00026926
Peckinpaugh, Brett | 0001 | MTC-00022036
Pecoraro, Charles S. | 0001 | MTC-00014848
Pecoro, Christopher | 0001 | MTC-00023963
PEDAMNER@ aol.com | 0001 | MTC-00003924
Pedde, Ron | 0001 | MTC-00016055
Pedenko, Connie | 0001 | MTC-00031893
Pedersen, Gunnar | 0001 | MTC-00028815
Pedersen, John E. | 0001 | MTC-00031952
Pedersen, Marian | 0002 | MTC-00021345
Pederson, Curt | 0002 | MTC-00003726
Pederson, Curt | 0001 | MTC-00015581
Pederson, Dale | 0001 | MTC-00004050
Pederson, Marian | 0001 | MTC-00027604
Pedgrift, Marilyn | 0001 | MTC-00025684
Pedgrift, Marlyn | 0001 | MTC-00005796
Pedi, Salvatore | 0001 | MTC-00022316
Pedriana, Paul | 0001 | MTC-00032310
Pedue, Greer | 0001 | MTC-00016286
Peebles, Jim | 0001 | MTC-00006385
Peel, Jason | 0001 | MTC-00016936
Peele, Ellwood L. | 0001 | MTC-00002498
Peele, Michael | 0001 | MTC-00004699
Peenbeen@ aol.com | 0001 | MTC-00006264
Peeples, Raymond | 0001 | MTC-00027704
Peetz, Ryan | 0001 | MTC-00002982
Peffer, Charyl | 0001 | MTC-00009076
Peggy | 0001 | MTC-00008524
Pegoraro, Rob | 0004 | MTC-00027533
Pehel, Michael | 0001 | MTC-00032840
Pehl, Jane | 0001 | MTC-00012938
Pehl, Jane | 0001 | MTC-00009528
Pehl, Jane | 0001 | MTC-00010008
Peiffer, Bob | 0002 | MTC-00000462
Peiffer, Jeff | 0001 | MTC-00015104
Peirce, Kenny | 0002 | MTC-00019050
Peisenger, Roman | 0002 | MTC-00033264
Peker, Gregory | 0001 | MTC-00019000
Pekirk, Dan | 0001 | MTC-00033348
Peknik, Dan | 0001 | MTC-00023829
Pela, Bill | 0001 | MTC-00017607
Pelkey, Kenneth | 0001 | MTC-00012284
Pellegrini, Jand C. | 0001 | MTC-00025979
Pellegrini, Wendy | 0002 | MTC-00027713
Pellegrini, William | 0001 | MTC-00025744
Pellegrino, Jim | 0001 | MTC-00033712
Pellerin, Jason | 0001 | MTC-00016125
Pellet, Robert | 0001 | MTC-00011709
Pelletier, William | 0001 | MTC-00020904
Pelletier, Yves | 0001 | MTC-00014887
Pellitteri, Joseph | 0001 | MTC-00009089
Pellow, Lydia | 0001 | MTC-00018510
Pelsor, Chris | 0001 | MTC-00023077
Peluso, Aaron | 0001 | MTC-00004786
Pelzl, Paul | 0001 | MTC-00016833
Pemberton, Joseph | 0001 | MTC-00027984
Pence, Jamie | 0001 | MTC-00024698
Pence, William | 0001 | MTC-00002177
Pence, William | 0001 | MTC-00026858
Pendelton, Bob | 0001 | MTC-00016883
Pendergast, Patricia F. | 0001 | MTC-00026011
Pendergrast, James | 0001 | MTC-00024607
Pendle, T.H. | 0001 | MTC-00025285
Pendleton, Nathaniel | 0002 | MTC-00024952
Penin, Lew | 0001 | MTC-00003849
Penn, Steve | 0002 | MTC-00014232
Penna, Randolph | 0001 | MTC-00000243
Pennebaker, Karen | 0001 | MTC-00023688
Penney, Ian | 0001 | MTC-00016468
Pennie, Jason | 0001 | MTC-00015708
Penning, Ben | 0001 | MTC-00018581
Pennington, Craig | 0002 | MTC-00016538
Pennington, Gordon | 0001 | MTC-00005835
Pennington, Joshua | 0001 | MTC-00021700
Pennington, Rosa Mae | 0002 | MTC-00032234
Pennington, Walt | 0001 | MTC-00013851
Pennington, William | 0001 | MTC-00005408
Pennino, Blanche | 0001 | MTC-00012976
Pennock, Ruth | 0001 | MTC-00007883
Penny, Doug | 0001 | MTC-00006291
Penquerch, Vincent | 0002 | MTC-00015229
Penrose, Christopher | 0001 | MTC-00018163
Penzo, Vincent | 0001 | MTC-00008747
people@ gaffle.com | 0001 | MTC-00017975
Peoples, John | 0001 | MTC-00012049
Peoples, John | 0001 | MTC-00005589
Peper, Chuck | 0001 | MTC-00028802
Pepin, Joyce | 0001 | MTC-00020554
Pepler, Dennis | 0001 | MTC-00022814
Peplowski, Eugene | 0001 | MTC-00024921
Peppeansy@ aol.com | 0001 | MTC-00015986
Pepper, Brian | 0001 | MTC-00018992
Pepple, Scott | 0002 | MTC-00016228
Pequipment@ aol.com | 0001 | MTC-00017294
Perara, Frank | 0001 | MTC-00027516
Perberthay, Stratton | 0001 | MTC-00016720
Percell, Patrick | 0002 | MTC-00028292
Percira, Horace | 0001 | MTC-00031098
Percival, Phil | 0002 | MTC-00003012
Percy, Michael | 0001 | MTC-00018390
Perdriau, Bob | 0001 | MTC-00002713
Perdriau, Bob | 0001 | MTC-00002898
Perdue, Christopher | 0002 | MTC-00032171
Perdue, Christopher | 0002 | MTC-00032517
Perdue, David | 0001 | MTC-00011714
Pereira, Niho R. | 0001 | MTC-00017999
Pereira, Nino | 0002 | MTC-00002151
Perelli, Sam | 0001 | MTC-00028987
Perers, Roger | 0001 | MTC-00029819
Pereverzoff, David | 0001 | MTC-00016513
Perez, Christy | 0001 | MTC-00012261
Perez, Enrique C. | 0001 | MTC-00005604
Perez, Frederick | 0002 | MTC-00014088
Perez, Janet | 0002 | MTC-00029741
Perez, Nicholas | 0001 | MTC-00016526
Perez, Rafael | 0001 | MTC-00003088
Perez, Roberto A. | 0001 | MTC-00008772
Perez, Stephen | 0001 | MTC-00003467
Perez, V. | 0001 | MTC-00000509
Perez, William | 0002 | MTC-00002279
Perez-Lopez, Andrew | 0001 | MTC-00018136
Perfilio@ aol.com | 0001 | MTC-00006378
Perham, Mike | 0001 | MTC-00015583
Perik, Mike | 0001 | MTC-00018391
Perkes, Saul | 0001 | MTC-00003241
Perkins, Christopher | 0001 | MTC-00016712
Perkins, Dennis | 0001 | MTC-00015145
Perkins, James T. | 0001 | MTC-00018429
Perkins, Jena | 0001 | MTC-00018041
Perkins, Mike | 0001 | MTC-00008279
Perkins, Quinn | 0001 | MTC-00004459
Perkins, Thane | 0001 | MTC-00028277
Perkins, Tony | 0001 | MTC-00016930
Perko, Walt | 0002 | MTC-00010825
Perley, Richmond | 0002 | MTC-00033584
Perman, Tim | 0001 | MTC-00028959
Perna, Ralph | 0001 | MTC-00024033
Perno, Glory | 0001 | MTC-00007650
Pernovsek, Jay | 0003 | MTC-00027559
Perrault, Brian | 0001 | MTC-00004517
Perrell, Charles | 0001 | MTC-00007240
Perrella, Anthony | 0001 | MTC-00029787
Perrin, Jeff | 0001 | MTC-00000658
Perrin, Michael | 0002 | MTC-00032915
Perrino, Thea | 0001 | MTC-00030031
Perrotto III, William A. | 0001 | MTC-00004184
Perry, Alex | 0004 | MTC-00001502
Perry, Cheri | 0001 | MTC-00031478
Perry, Clint | 0001 | MTC-00025215
Perry, Elgin | 0001 | MTC-00004011
Perry, Francis M | 0001 | MTC-00011747
Perry, George | 0001 | MTC-00024114
Perry, James R. | 0002 | MTC-00023965
Perry, Jim | 0001 | MTC-00000529
Perry, Michael | 0001 | MTC-00003759
Perry, Philip | 0002 | MTC-00016303
Perry, Stephen | 0001 | MTC-00002223
Perscall, Leslie | 0001 | MTC-00031231
Persel, John M. | 0001 | MTC-00023560
Pershall, Linda | 0001 | MTC-00008518
Person, Lawrence | 0003 | MTC-00027065
Personett, Keith R. | 0002 | MTC-00018615
Personette, David | 0001 | MTC-00020603
Persons, Chuck | 0001 | MTC-00001326
Persson, Anders | 0001 | MTC-00010623
Perumal, Todd | 0001 | MTC-00021792
Pervere, Roger | 0001 | MTC-00021763
Pervez, Nadia | 0001 | MTC-00019775
Pesall, Bob | 0001 | MTC-00017548
Peschko, Edward | 0001 | MTC-00018132
Peschko, Edward | 0001 | MTC-00018300
Pesola, Dallas | 0001 | MTC-00017765
Pesta, Paul | 0001 | MTC-00001674
Pesther, Fred | 0001 | MTC-00000476
Pestronk, Mike | 0001 | MTC-00005049
Pete Aven | 0001 | MTC-00019710
petec@ aquascience.com | 0001 | MTC-00017264
Peteet, William | 0001 | MTC-00012167
Peter | 0001 | MTC-00015065
Peter | 0001 | MTC-00020281
Peter | 0001 | MTC-00020636
Peter | 0001 | MTC-00023462
Peter | 0004 | MTC-00003411
Peter | 0001 | MTC-00015066
Peter, David | 0001 | MTC-00000240
Peter, John | 0001 | MTC-00008735
peter.heinen@ homestreetbank.com | 0001 | MTC-00011304
Peter357@ aol.com | 0001 | MTC-00008971
peterdeanwi | 0001 | MTC-00021387
Peteren, Jeremy | 0001 | MTC-00015348
Peterjohn, Karl | 0001 | MTC-00031631
Peterke, Reiner | 0001 | MTC-00014939
Peterman, Dan | 0001 | MTC-00018071
Petermann, Alfred | 0001 | MTC-00008353
Petermann, Alfred | 0001 | MTC-00024323
Peters, Christopher A. | 0001 | MTC-00029276
Peters, John | 0002 | MTC-00006320
Peters, John | 0002 | MTC-00005072
Peters, John | 0001 | MTC-00004025
Peters, Panei | 0001 | MTC-00033415
Peters, Ryan F. | 0001 | MTC-00005703
Peters, Sara | 0001 | MTC-00009263
Peters, Shanan | 0001 | MTC-00002497
Peters, Stephen | 0001 | MTC-00016581
Peters, Susan | 0002 | MTC-00033433
Peters, William | 0002 | MTC-00033431
Petersen, Derek | 0001 | MTC-00018608
Petersen, Judith R. | 0001 | MTC-00005626
Petersen, Marvin E. | 0001 | MTC-00026687
Petersen, Peter | 0003 | MTC-00018526
Petersen, Rodney J. | 0001 | MTC-00028892
Peterson II, Peter A. | 0002 | MTC-00018477
Peterson Jordan | 0001 | MTC-00017016
Peterson, Agnes and Roland | 0001 | MTC-00025506
Peterson, Andrew | 0003 | MTC-00016741
Peterson, Bedford | 0001 | MTC-00010382
Peterson, Bill | 0001 | MTC-00003183
Peterson, Bob | 0002 | MTC-00028465
Peterson, Brian | 0002 | MTC-00025976
Peterson, Charles H. | 0001 | MTC-00005192
Peterson, Chris | 0001 | MTC-00015174
Peterson, Chuck | 0001 | MTC-00005841
Peterson, David | 0001 | MTC-00017240
Peterson, Forest | 0001 | MTC-00026424
Peterson, Frank | 0001 | MTC-00033465
Peterson, Gregory | 0001 | MTC-00003444
Peterson, Guy | 0002 | MTC-00001521
Peterson, Guy | 0001 | MTC-00020939
Peterson, Howard | 0001 | MTC-00011281
Peterson, Howard | 0001 | MTC-00024934
Peterson, James | 0001 | MTC-00006341
Peterson, James | 0001 | MTC-00006193
Peterson, Jean | 0001 | MTC-00027943
Peterson, Joan | 0001 | MTC-00002362
Peterson, Joan | 0001 | MTC-00012561
Peterson, Joan | 0001 | MTC-00005360
Peterson, Joan | 0001 | MTC-00012562
Peterson, Judith | 0001 | MTC-00032965
Peterson, Julia | 0001 | MTC-00008983
Peterson, Kim | 0001 | MTC-00007260
Peterson, Larry | 0001 | MTC-00013579
Peterson, Lauren | 0003 | MTC-00016805
Peterson, Mark | 0001 | MTC-00024063
Peterson, Richard | 0001 | MTC-00021029
Peterson, Rick | 0001 | MTC-00024694
Peterson, Roger | 0001 | MTC-00021495
Peterson, Roland | 0001 | MTC-00030829
Peterson, Roland | 0001 | MTC-00030851
Peterson, Ron | 0002 | MTC-00029304
Peterson, Ross | 0001 | MTC-00021625
Peterson, Scott | 0001 | MTC-00000580
Peterson, Theresa | 0001 | MTC-00019366
Peterson, Theresa | 0007 | MTC-00019410
Peterson, Vicky | 0001 | MTC-00020443
Peterson, Warren | 0001 | MTC-00020881
Peterson, Wayne | 0001 | MTC-00010191
Peterson, Wes | 0001 | MTC-00004620
Peterson, William | 0002 | MTC-00030311
Peterson, William | 0001 | MTC-00009392
Peterson, William D. | 0001 | MTC-00007138
Pethoe, Peter | 0002 | MTC-00023136
Petillo, John | 0001 | MTC-00023100
Petit, Ann | 0001 | MTC-00001492
Petit, B. | 0001 | MTC-00004386
Petit, Brent J.B. | 0002 | MTC-00002361
petitjim@ juno.com | 0001 | MTC-00028217
Petko, Alice | 0001 | MTC-00011910
Petkovsek, Cory | 0002 | MTC-00022722
Petolillo, Robert | 0002 | MTC-00027931
Petolollo, Bob | 0001 | MTC-00027845
Petorelli, Marlene | 0001 | MTC-00014837
Petorelli, Rudy | 0001 | MTC-00014836
Petorelli, Rudy | 0001 | MTC-00010939
Petoretti, Rudy | 0002 | MTC-00033073
Petracca, Thomas J. | 0001 | MTC-00020965
Petrane, Raymond | 0001 | MTC-00013604
Petree, Russell | 0001 | MTC-00016391
Petrella, Corrado | 0001 | MTC-00007520
Petri, John | 0001 | MTC-00014053
Petrik, Brad | 0001 | MTC-00026994
Petro, Michael | 0001 | MTC-00021914
Petrocci, John | 0001 | MTC-00007668
Petroci Jr., John J. | 0001 | MTC-00030471
Petroci, John J. | 0001 | MTC-00026156
Petroci, Michelle Salom | 0001 | MTC-00026134
Petrone, Ray | 0001 | MTC-00006169
Petrone, Ray | 0004 | MTC-00026059
Petrone, Ray | 0001 | MTC-00013971
Petrone, Raymond | 0001 | MTC-00003906
Petrone, Raymond | 0001 | MTC-00004339
Petrov, George | 0001 | MTC-00020307
Petrulakis, George | 0002 | MTC-00031741
Petrusz, Robert | 0001 | MTC-00015484
Petry, Aaron | 0001 | MTC-00020583
Petry, Shannon | 0001 | MTC-00003836
Pettengill, Ron and Marylou | 0001 | MTC-00028771
Pettigrew, Robert | 0001 | MTC-00013938
Pettitt, Raymond | 0001 | MTC-00010261
Pettus, Paul | 0001 | MTC-00017783
Petty, Liz | 0001 | MTC-00016444
Petty, Robert | 0001 | MTC-00031724
Petty, Scott | 0002 | MTC-00033636
Pevear, Sid and Anita | 0001 | MTC-00013615
Pexton, John | 0001 | MTC-00031968
Peyton, Janell | 0001 | MTC-00005786
Pfaff, Jon | 0002 | MTC-00018330
Pfaff, Steven M. | 0001 | MTC-00014633
Pfaff-Harris, Kristina | 0001 | MTC-00017425
Pfahnl, Joseph W | 0001 | MTC-00011724
Pfahnl, Joseph W. | 0001 | MTC-00029003
Pfeifer, Kerry | 0001 | MTC-00010035
Pfeiffer, Chuck | 0002 | MTC-00000027
Pfisterer, Adrian | 0001 | MTC-00003865
pfk | 0001 | MTC-00020641
Pflum, David | 0001 | MTC-00021846
Pfotenhauer, Nancy | 0003 | MTC-00029772
Pfund, Lydia | 0001 | MTC-00008376
Pgmucci@ aol.com | 0001 | MTC-00008566
Phair, Christopher | 0001 | MTC-00032865
Pham, Jerry | 0001 | MTC-00001391
Phan, Anh | 0001 | MTC-00028248
Phan, David | 0001 | MTC-00000052
Phan, DuyMy L. | 0001 | MTC-00000381
Pharr, David | 0001 | MTC-00005919
phash | 0001 | MTC-00021359
Phelan, James D. | 0001 | MTC-00006975
Phelan, Joseph | 0001 | MTC-00022448
Phelps, Burton W. | 0002 | MTC-00027795
Phelps, Jeffrey | 0001 | MTC-00029864
Pheonixl1t | 0001 | MTC-00003247
Phil (os2fan@ gmx.net) | 0001 | MTC-00021747
Phil Pawelcyzk | 0001 | MTC-00019712
Philip, B | 0001 | MTC-00014397
Philippa, Jeffery (Citizens Against Govt. Waste) | 0005 | MTC-00028667
Philippe, Jean | 0001 | MTC-00002959
Philips, Kenn | 0001 | MTC-00001694
Phillippi, Don | 0001 | MTC-00023409
Phillippi, Donald | 0001 | MTC-00010274
Phillips, Andrew | 0001 | MTC-00015818
Phillips, Carole | 0001 | MTC-00013904
Phillips, Chad | 0001 | MTC-00015812
Phillips, Chester | 0002 | MTC-00033455
Phillips, Christal | 0001 | MTC-00024476
Phillips, Christopher | 0001 | MTC-00002084
Phillips, Chuck | 0003 | MTC-00014829
Phillips, Courtney | 0002 | MTC-00032594
Phillips, Courtney G | 0001 | MTC-00031114
PHillips, Daniel | 0001 | MTC-00027633
Phillips, Dave | 0001 | MTC-00000708
Phillips, David | 0002 | MTC-00030249
Phillips, David | 0002 | MTC-00004764
Phillips, David | 0002 | MTC-00024146
Phillips, Debra | 0001 | MTC-00021955
Phillips, Deven | 0006 | MTC-00017078
Phillips, Don | 0001 | MTC-00026002
Phillips, Don | 0001 | MTC-00030477
Phillips, Donald | 0001 | MTC-00032862
Phillips, Earl | 0001 | MTC-00031874
Phillips, george | 0001 | MTC-00027710
Phillips, Glen A. | 0001 | MTC-00029595
Phillips, Glenn | 0001 | MTC-00012108
Phillips, Gordon | 0001 | MTC-00005455
Phillips, James | 0001 | MTC-00015833
Phillips, Jerry N. | 0001 | MTC-00011530
Phillips, Joel | 0001 | MTC-00000797
Phillips, John | 0001 | MTC-00008666
Phillips, John | 0001 | MTC-00020917
Phillips, Judah | 0001 | MTC-00026154
Phillips, Lee | 0001 | MTC-00002295
Phillips, Marilyn | 0001 | MTC-00022901
Phillips, Max | 0002 | MTC-00019473
Phillips, Melvin and Lillian | 0001 | MTC-00007971
Phillips, Michael | 0002 | MTC-00025598
Phillips, Richard | 0001 | MTC-00030036
Phillips, Robert C. | 0001 | MTC-00010066
Phillips, Seymour | 0001 | MTC-00000894
Phillips, Steve | 0001 | MTC-00003983
Phillips, Thomas | 0001 | MTC-00010102
Phillips, Trudy | 0001 | MTC-00016813
Phillips, Truman | 0002 | MTC-00019358
Phillipson, Sean | 0001 | MTC-00010802
Philpot, Morgan | 0001 | MTC-00009949
Phipps, James | 0001 | MTC-00024595
Phipps, Perry L. | 0001 | MTC-00025714
Phjul | 0001 | MTC-00001805
Phoenix | 0001 | MTC-00004175
Phoenix, Chris | 0001 | MTC-00019669
Photozen | 0001 | MTC-00023554
Phurrough, Dale | 0001 | MTC-00025355
phy@ milwpc.com | 0001 | MTC-00028178
Piascinski, Joseph | 0001 | MTC-00030929
Piasecki, Joseph | 0001 | MTC-00016731
Piatek, Michael | 0001 | MTC-00015848
Piatt, Ted | 0001 | MTC-00012160
Picard, Robert | 0001 | MTC-00031497
Piccirillo, Joseph | 0001 | MTC-00032703
Piche, Mike | 0001 | MTC-00012576
Pickens, Andrew | 0002 | MTC-00033089
Pickens, Dave | 0004 | MTC-00004832
Pickens, Kim | 0001 | MTC-00024466
Pickerel, D. Emmett | 0001 | MTC-00018023
Pickering, Bill | 0001 | MTC-00002189
Pickering, Bill | 0002 | MTC-00032382
Pickering, Helen | 0001 | MTC-00029805
Pickering, Miles | 0001 | MTC-00016176
Pickers, John | 0001 | MTC-00012901
Pickert, Brent | 0001 | MTC-00025696
Pickett, Ed | 0001 | MTC-00032723
Pickett, Jean | 0002 | MTC-00009987
Pickett, Michael and Sally | 0001 | MTC-00033439
Pickett, Michael and Sally | 0001 | MTC-00024882
Picketts, Scott | 0003 | MTC-00016514
Pickington, Charles | 0001 | MTC-00003394
Pickney, Michael | 0001 | MTC-00001906
Pickrel, Joanne | 0001 | MTC-00011101
Pickrell, John | 0001 | MTC-00021149
Pickup, Eric | 0001 | MTC-00004984
Picon, W. | 0002 | MTC-00012900
Picton, Aaron T. | 0001 | MTC-00002775
Piehl, Curby A. | 0001 | MTC-00016280
Piel, Brian | 0003 | MTC-00021799
Pieper, Pieter Jan | 0001 | MTC-00014212
Pierce, Al | 0001 | MTC-00001294
Pierce, Al | 0001 | MTC-00013570
Pierce, Benjamin | 0001 | MTC-00009244
Pierce, Dana | 0001 | MTC-00020825
Pierce, Greg | 0001 | MTC-00000706
Pierce, Henry | 0001 | MTC-00000765
Pierce, Jason | 0001 | MTC-00025659
Pierce, Jeff | 0002 | MTC-00011577
Pierce, Ken | 0001 | MTC-00022374
Pierce, Lawrence W. | 0001 | MTC-00010414
Pierce, Michael | 0001 | MTC-00021698
Pierce, Ted | 0001 | MTC-00006365
Pierdolla, Sallie | 0001 | MTC-00012266
Pieri, Rich | 0001 | MTC-00015889
Pierron, Dan | 0001 | MTC-00006390
Pierson, Harry | 0002 | MTC-00032309
Pierson, Harry | 0001 | MTC-00032756
Pierson, Roger A. | 0001 | MTC-00021851
Piester, Patricia | 0001 | MTC-00029673
Pietrowicz, Stephen R. | 0003 | MTC-00027404
Pietrowski, E. L. | 0001 | MTC-00008862
Pifke, Dave | 0001 | MTC-00018715
Pigg, Gary | 0001 | MTC-00009725
Piher, L. Drew | 0001 | MTC-00027606
Pihl, David | 0001 | MTC-00026976
Pihl, Torsten | 0001 | MTC-00018173
Pijar, Greg | 0001 | MTC-00031661
Pike, August | 0002 | MTC-00031999
Pike, Brian | 0002 | MTC-00003443
Pike, Jack | 0001 | MTC-00006812
Piland, Gary | 0001 | MTC-00013158
Piland, Gary | 0001 | MTC-00025075
Pilger, John J. | 0002 | MTC-00026974
Pilgrim, Philip | 0001 | MTC-00017337
Piliper, Alex | 0001 | MTC-00022082
Pilkington, Charles | 0001 | MTC-00000335
Pillar, Ron | 0001 | MTC-00026539
Piller, Chip | 0002 | MTC-00027629
Pilley, Chris | 0001 | MTC-00030076
Pillow, John | 0001 | MTC-00023874
Pillow, John E. | 0001 | MTC-00033374
Pillows, Tracy | 0001 | MTC-00030842
Pillsbury, D | 0001 | MTC-00024131
Pina, Ravi | 0001 | MTC-00015711
Pinand, Henry | 0001 | MTC-00022639
Pincus, Zach | 0002 | MTC-00014880
Pindel, David | 0002 | MTC-00027867
Pindel, David | 0002 | MTC-00029895
Pine, Karl O. | 0010 | MTC-00027602
Pineo, Linda | 0002 | MTC-00012854
Pinion, Mary | 0001 | MTC-00022467
Pinion, Mitzh | 0001 | MTC-00031998
Pink, Barbara C. | 0001 | MTC-00012349
Pink, David | 0001 | MTC-00020894
Pinkham, Wayne | 0002 | MTC-00013067
Pinkleton, Laretta | 0001 | MTC-00021205
Pinson, Shelah | 0001 | MTC-00006226
pinsonfamily@ attbi.com | 0001 | MTC-00017255
Pintler, Mary D. | 0001 | MTC-00011552
Pioli, Robert | 0002 | MTC-00033654
Piolino, Thierry | 0001 | MTC-00004435
Piolunek, Joe | 0005 | MTC-00019576
Pipal, Randy | 0001 | MTC-00028996
Piper, David | 0001 | MTC-00033798
Piper, Greg and Chapman, Bruce | 0002 | MTC-00029021
Piper, Greg J. | 0001 | MTC-00013547
Piper, Lynn | 0001 | MTC-00012178
Piper, Peter | 0001 | MTC-00020389
Piper, Warren | 0001 | MTC-00026224
Piperberg, Jamie | 0001 | MTC-00022703
Pipkin, Chris H. | 0001 | MTC-00030467
Pipkin, Tracy | 0001 | MTC-00012141
Pippin, Bruce | 0001 | MTC-00029423
Pippin, Jason | 0001 | MTC-00000905
Pippins, Janae | 0001 | MTC-00000681
Pirkle, Kent | 0002 | MTC-00018623
Piroumian, Vartan | 0003 | MTC-00019017
Pirri, John Dr. and Mrs. | 0001 | MTC-00031049
Pirzadeh, Amin | 0001 | MTC-00013141
Pisani, Albert | 0001 | MTC-00002757
Pissocra, Steve | 0001 | MTC-00025655
Pistoresi, Nello and Son, Inc. | 0001 | MTC-00029938
Pitcairn, Kris | 0001 | MTC-00011937
Piterak, Jason | 0011 | MTC-00022054
Pitman, Jeff | 0001 | MTC-00014980
Pitocco, Carlo | 0001 | MTC-00022726
Pitre, David | 0001 | MTC-00018458
Pitrle, Elbert | 0001 | MTC-00021730
Pitt, Jonathan | 0001 | MTC-00023427
Pitt, Ken | 0001 | MTC-00025303
Pittell, Harold | 0001 | MTC-00028848
Pittman, Delmar and Jean | 0001 | MTC-00026455
Pittman, Roger | 0001 | MTC-00020851
Pittmann, Burt | 0001 | MTC-00025022
Pitts, Brent | 0001 | MTC-00016079
Pitts, Larry | 0001 | MTC-00007160
Pitts, Tom | 0001 | MTC-00016640
Pittsley, Dorothy | 0002 | MTC-00033645
Pixel Fairy | 0002 | MTC-00027789
Pixley, Robert | 0002 | MTC-00026510
Pizzato, Gene | 0001 | MTC-00030767
Pizzato, Gene | 0001 | MTC-00031346
Pizzello, Andrew | 0001 | MTC-00026903
Pizzeri, Frank & Chris | 0001 | MTC-00011795
Pizzi, Susan | 0001 | MTC-00009602
Pizzirani, Arthur | 0001 | MTC-00009599
Pizzitola, Michele Adams | 0002 | MTC-00028430
Pkshadow | 0001 | MTC-00023767
Place, June | 0001 | MTC-00030956
Placette, Elsie | 0001 | MTC-00009384
Placilla, Anthony and Maureen | 0001 | MTC-00019299
Placilla, Tony | 0001 | MTC-00000421
Plale, Jeff | 0002 | MTC-00029983
Plander, Harry | 0001 | MTC-00031086
PLanierCom@ aol.com | 0001 | MTC-00000805
Plant, Everett | 0001 | MTC-00024469
Planter26@ aol.com | 0001 | MTC-00005509
Plarkey, Norman | 0001 | MTC-00011263
Plas, David R. | 0001 | MTC-00001250
Plas, David R. | 0001 | MTC-00013420
Plastina, Dan | 0001 | MTC-00002737
Plastina, Dan | 0001 | MTC-00005494
Platon, Larry | 0001 | MTC-00004122
Platt, Donna | 0001 | MTC-00028505
Platt, George | 0001 | MTC-00029989
Platt, George | 0001 | MTC-00029827
Platzker, David | 0002 | MTC-00001977
playcon@ aol.com | 0001 | MTC-00026446
Plefka, Bob | 0001 | MTC-00006327
Pleham, Randy | 0001 | MTC-00011542
Plemel, J. Randolph | 0002 | MTC-00015115
Plent, Rex | 0001 | MTC-00007858
Plente, James | 0002 | MTC-00025786
Pleschutznig, Andeas | 0001 | MTC-00032247
Pleschutznig, Andreas | 0001 | MTC-00000143
Pleshko, Bruce and Leslie | 0001 | MTC-00007796
Pletter, Claudia | 0001 | MTC-00024700
Plevin, Richard | 0001 | MTC-00023448
Plimley, Mark | 0002 | MTC-00027558
Plischke, Gerald | 0001 | MTC-00029244
Pliske, Chuck | 0001 | MTC-00026639
Pliszka, Jacek | 0001 | MTC-00003320
Plitt, Allen | 0001 | MTC-00029006
Plitt, Allen L. | 0001 | MTC-00008879
Plitt, Geoffrey | 0001 | MTC-00017203
Plotnik, Sharonne | 0001 | MTC-00011982
Ploudre, Jonathan | 0001 | MTC-00003638
Plover, Greg | 0001 | MTC-00014312
plovie, John | 0001 | MTC-00030261
Pluchinski, Derek | 0001 | MTC-00020175
Pluck, Thomas | 0001 | MTC-00016484
Plummer, Christopher | 0001 | MTC-00033428
Plummer, Christopher | 0001 | MTC-00024488
Plummer, David M. | 0001 | MTC-00018797
Plummer, James | 0001 | MTC-00011801
Plump, Michael | 0001 | MTC-00015048
Plunkett, John | 0001 | MTC-00024102
pmills@ mc3inc.com | 0001 | MTC-00010392
Poage, Sharla S. | 0001 | MTC-00030496
Poblador, Jonas | 0001 | MTC-00007949
Pobryain, Allen | 0001 | MTC-00014732
Pockele, James | 0001 | MTC-00017393
Podd, Kenneth | 0001 | MTC-00009495
Podnar, Paul | 0002 | MTC-00033547
Podnar, Paul | 0002 | MTC-00027464
Poe, Lettie Ann | 0001 | MTC-00028315
Poe, Tom | 0001 | MTC-00002700
Poet, Kevin | 0003 | MTC-00028296
Poff, M. June | 0002 | MTC-00033520
Poggio, Andy | 0001 | MTC-00016846
Poh, A. C. | 0001 | MTC-00026221
Pohjanraito, Jani | 0001 | MTC-00011059
Pohl, Alvin J. | 0001 | MTC-00010647
Pohl, Gerald B. | 0001 | MTC-00024240
Pohlabel, Christian | 0002 | MTC-00014992
Pohlman, David | 0001 | MTC-00019404
Pohlman, Roland | 0002 | MTC-00005806
Pohlman, Roland | 0001 | MTC-00011606
Poindexter, Larry | 0001 | MTC-00000493
Pointer, Aubrey | 0001 | MTC-00013613
Poirier, Paul | 0001 | MTC-00022869
Pokey | 0001 | MTC-00008921
Poland, Robert | 0001 | MTC-00002048
Polaski, Jeffrey | 0001 | MTC-00017447
Polcaro, John | 0001 | MTC-00020462
Polcaro, John | 0001 | MTC-00020458
Poldrack, Russell | 0001 | MTC-00016718
Polen, Karen | 0001 | MTC-00031131
Polenychko, Dave | 0001 | MTC-00017002
Polin, Joel | 0001 | MTC-00006594
Polini, Eleanor | 0002 | MTC-00027746
Polisseni, Albert | 0001 | MTC-00003316
Polk, Carl A. | 0001 | MTC-00024410
Pollack, Dan | 0002 | MTC-00003107
Pollack, Jordan | 0002 | MTC-00010278
Pollack, Michael | 0001 | MTC-00013885
Pollard, Brian | 0002 | MTC-00033178
Pollard, Chris | 0001 | MTC-00001117
Pollard, Lee | 0001 | MTC-00005076
Pollard, Maxine | 0001 | MTC-00028976
Pollard, Phillip | 0001 | MTC-00018631
Pollat, Clay | 0001 | MTC-00022498
Polley, Michael | 0002 | MTC-00003168
Polliard, Mary | 0002 | MTC-00033194
Pollitt, Eric | 0001 | MTC-00022807
Pollman, J. C. | 0001 | MTC-00015698
Pollock, Cody | 0001 | MTC-00018760
Pollock, Roy | 0001 | MTC-00018131
Polly, George | 0001 | MTC-00000573
PollyPops9@ aol.com | 0001 | MTC-00009257
Polson, Rufus | 0002 | MTC-00033829
Polson, Rufus | 0002 | MTC-00033679
Polster, Robert | 0001 | MTC-00021111
Polster, Robert | 0001 | MTC-00021113
Polta, David W. | 0001 | MTC-00013975
Poltorak, Elie | 0001 | MTC-00027551
Polychroniou, George | 0001 | MTC-00005412
Polycrates, George | 0001 | MTC-00009430
polymorphic@ geocities.com | 0001 | MTC-00028192
Pomerantz, Paul | 0001 | MTC-00010977
Pomeranz, Rose Ryba | 0001 | MTC-00028329
Pomerleau, Paul | 0001 | MTC-00003351
Pomeroy, Lawrence | 0001 | MTC-00009739
Pompei, Warren | 0001 | MTC-00025396
Poncy, Christophe | 0001 | MTC-00006034
Pondel, Tony | 0001 | MTC-00006706
Ponder, PJ | 0001 | MTC-00017749
Ponemon, Warren | 0001 | MTC-00014021
Ponko, Jerry | 0002 | MTC-00019695
Pons, Juan A. | 0001 | MTC-00018618
Ponte, Leonard | 0001 | MTC-00030307
Pontecorvo, Joe | 0001 | MTC-00000094
Pontius, Dale | 0002 | MTC-00027180
Pontius, Tom and Sue | 0001 | MTC-00012059
Pontius, Tom and Sue | 0001 | MTC-00006699
Ponto, Judy | 0001 | MTC-00000647
Ponto, Judy | 0001 | MTC-00029758
Ponto, Judy | 0001 | MTC-00008760
Ponto, Judy | 0001 | MTC-00008761
Ponto, Mr. and Mrs. Roger | 0001 | MTC-00008738
Pooelker, Paul F. | 0001 | MTC-00008169
Pool, J. | 0001 | MTC-00007365
Pool, W.G. Jr. | 0001 | MTC-00022167
Poole, Brian | 0001 | MTC-00023701
Poole, Edward | 0001 | MTC-00011841
Poole, John | 0001 | MTC-00023424
Poole, Michael | 0001 | MTC-00015055
Poole, Robin | 0001 | MTC-00009082
Poole, Steve | 0001 | MTC-00001456
Poolman, Richard | 0001 | MTC-00007835
Popa, Val | 0001 | MTC-00017704
Popcard@ aol.com | 0001 | MTC-00014462
Pope, Brenda | 0001 | MTC-00009336
Pope, Ed | 0001 | MTC-00027323
Pope, Kaye | 0001 | MTC-00013208
Pope, Ralph | 0001 | MTC-00021223
Popkin, Laird | 0004 | MTC-00015886
Poplar, James | 0002 | MTC-00018371
Popov, V | 0001 | MTC-00023913
Popovich, George | 0001 | MTC-00005460
Poppe, Lee | 0001 | MTC-00023487
poppopbox@ aol.com | 0001 | MTC-00008320
Porcher, R. D. | 0001 | MTC-00015938
Poreda, Robert | 0001 | MTC-00004979
Poriss, Jason | 0002 | MTC-00015190
Pormann, John B. | 0002 | MTC-00017617
Porporato, Bob | 0001 | MTC-00000320
Porrill, Damon | 0001 | MTC-00031876
Porta, Francesco | 0001 | MTC-00001387
Portal, Bob | 0001 | MTC-00012931
Porter, Ann | 0001 | MTC-00010048
Porter, Charles | 0009 | MTC-00011639
Porter, Curtis | 0001 | MTC-00009460
Porter, Eric | 0001 | MTC-00000552
Porter, Gary | 0001 | MTC-00010113
Porter, Joseph | 0001 | MTC-00015784
Porter, Lloyd | 0001 | MTC-00006510
Porter, Marcus | 0001 | MTC-00017508
Porter, Michael | 0002 | MTC-00018209
Porter, Russell | 0001 | MTC-00032605
Porter, Sidney | 0001 | MTC-00032969
Porterfield, Tomi | 0001 | MTC-00012993
pORTERM@ GTLAW.COM | 0001 | MTC-00009530
Porth, Sean | 0001 | MTC-00017520
Portin, Arvid | 0001 | MTC-00030532
Portin, Craig | 0001 | MTC-00017691
Portuesi,Michael | 0001 | MTC-00019851
Porzio, Mike | 0001 | MTC-00014243
Porzuc, George | 0001 | MTC-00008945
Porzuc, George | 0001 | MTC-00006627
Poschel, Tim | 0002 | MTC-00021762
Posey, David | 0001 | MTC-00023152
Post, Alan | 0001 | MTC-00016798
Post, Frank | 0001 | MTC-00012845
Post, Gregory | 0001 | MTC-00005130
Post, Jeff | 0001 | MTC-00018039
Post, John | 0002 | MTC-00016381
Poster, Gary | 0001 | MTC-00023465
Postrozny, Richard | 0001 | MTC-00005180
potenisaac@ attbi.com | 0001 | MTC-00021965
Pothier, Donald | 0001 | MTC-00022629
Pothier, Steven | 0001 | MTC-00019477
Potochnik, Kim | 0001 | MTC-00014706
Potochnik, Mark | 0001 | MTC-00004138
Potrer, Ed and REva | 0001 | MTC-00008489
Potter, Andrew | 0001 | MTC-00016519
Potter, Betsey | 0001 | MTC-00013305
Potter, Bob | 0001 | MTC-00005493
Potter, Bob | 0001 | MTC-00011797
Potter, Bob | 0001 | MTC-00021758
Potter, Edwin | 0001 | MTC-00026727
Potter, Harold | 0001 | MTC-00008035
Potter, Jackie | 0001 | MTC-00023673
Potter, Jim | 0001 | MTC-00017262
Potter, Josh | 0001 | MTC-00031279
Potter, Ken | 0001 | MTC-00013442
Potter, Mark | 0001 | MTC-00032582
Potter, Mike | 0001 | MTC-00000077
Potter, Nathan | 0002 | MTC-00003224
Potter, R. W. | 0001 | MTC-00001646
Potter, Richard | 0001 | MTC-00001474
Potter, Sharyl A. | 0001 | MTC-00010746
Potter, Shuryl A. | 0001 | MTC-00012109
Potter, Teail | 0001 | MTC-00017173
Potter, Ted | 0001 | MTC-00003130
Potter, William | 0001 | MTC-00013306
Potts, Glenna | 0001 | MTC-00012246
Potts, Ted | 0001 | MTC-00025928
Potts, Tedd | 0001 | MTC-00005005
Potts, William | 0001 | MTC-00014032
Pouch, Ronald L. | 0001 | MTC-00005884
Poucher, Greg | 0001 | MTC-00019611
Poulsen, Gil | 0001 | MTC-00025470
Poulsen, Kevin | 0003 | MTC-00010662
Poulson, Lynn H. | 0001 | MTC-00002227
Poulton, Chet | 0001 | MTC-00004794
Poulton, Jim | 0001 | MTC-00009844
Poulton, Jim | 0001 | MTC-00032502
Pound, Marc W. | 0001 | MTC-00016503
Pousman, Zach | 0001 | MTC-00018309
Povenmire, Mark | 0001 | MTC-00003958
Povirk, Lawrence | 0003 | MTC-00024690
Povondra, Marc T. | 0001 | MTC-00028704
Powell, Adam C. | 0001 | MTC-00028312
Powell, Arthur | 0001 | MTC-00006191
Powell, Billie | 0001 | MTC-00021789
Powell, Billy | 0001 | MTC-00006921
Powell, Billy | 0001 | MTC-00013422
Powell, Bobby | 0001 | MTC-00013211
Powell, Brian | 0001 | MTC-00018204
Powell, Bryan C. | 0001 | MTC-00021098
Powell, C. Mack | 0001 | MTC-00012282
Powell, Charles R. | 0001 | MTC-00006704
Powell, Ed | 0001 | MTC-00032110
Powell, Edward | 0002 | MTC-00013580
Powell, Harry L. | 0001 | MTC-00007117
Powell, J. C. | 0001 | MTC-00006040
Powell, Jeff | 0001 | MTC-00010301
Powell, Kent | 0001 | MTC-00022164
Powell, Mary | 0001 | MTC-00009730
Powell, Murray | 0001 | MTC-00005561
Powell, Robert | 0001 | MTC-00001628
Powell, Robert Ingram | 0002 | MTC-00007617
Powell, Stuart | 0001 | MTC-00006730
Powell, Stuart | 0001 | MTC-00025896
Powenski, Paul | 0001 | MTC-00003455
Power, Doreen | 0001 | MTC-00006130
Power, Jim | 0001 | MTC-00015071
Power, Judy | 0001 | MTC-00027736
Power, Richard | 0001 | MTC-00005647
Power, Richard | 0001 | MTC-00025219
Power, Robert | 0002 | MTC-00029485
Power, Steven | 0001 | MTC-00029248
Power, Tina | 0001 | MTC-00011027
Powers, Bert | 0001 | MTC-00022459
Powers, Bob | 0001 | MTC-00007774
Powers, Charlie W. | 0001 | MTC-00010176
Powers, Dave | 0001 | MTC-00027002
Powers, David | 0001 | MTC-00001581
Powers, Floyd | 0001 | MTC-00029703
Powers, G Stuart | 0001 | MTC-00029509
Powers, Jeffrey L. | 0001 | MTC-00009607
Powers, John S. | 0001 | MTC-00003272
Powers, Jonathan | 0001 | MTC-00016589
Powers, Peggy | 0001 | MTC-00014375
Powers, Thomas | 0001 | MTC-00029472
Poynter, David | 0001 | MTC-00015825
Poythress, Vern | 0001 | MTC-00030681
Poz, Mike | 0002 | MTC-00000534
Pozzouli, A. | 0001 | MTC-00007186
Pozzuoli, A. | 0001 | MTC-00000610
pparker@ mdot.state.md.us | 0001 | MTC-00021993
Prabhudesai, Chetain | 0002 | MTC-00029359
Prado, Ivan | 0001 | MTC-00010207
Prado, Ramiro | 0001 | MTC-00027412
Prae, Gary | 0002 | MTC-00033632
Praedor | 0001 | MTC-00000584
Prager, Stan | 0001 | MTC-00005820
Praissman, Jeremy | 0002 | MTC-00027406
Prakken, Randy | 0001 | MTC-00003746
Pranger, Jason | 0001 | MTC-00020629
Pranther, Thomas | 0002 | MTC-00033511
Prasad, Ganesh | 0006 | MTC-00005156
Prasad, Ganesh | 0005 | MTC-00014607
Prater, Sandra | 0001 | MTC-00031704
Prather, Daniel | 0001 | MTC-00000903
Prather, David | 0001 | MTC-00006030
Prather, Jerauld S. | 0002 | MTC-00018380
Pratt, Bill | 0001 | MTC-00010482
Pratt, Don | 0001 | MTC-00003894
Pratt, Gail | 0001 | MTC-00006679
Pratt, Ray D. | 0001 | MTC-00000644
Pratt, Robert | 0001 | MTC-00032550
Pratt, Sandra | 0001 | MTC-00008222
Pratt, Vince | 0002 | MTC-00004691
Preacher, Charles | 0001 | MTC-00009706
Preble, Dolores J. | 0001 | MTC-00013282
Prechel, Sharon | 0001 | MTC-00024038
Prell, Jason | 0001 | MTC-00010792
Premore, B. J. | 0001 | MTC-00015429
Prendergast, Jim | 0004 | MTC-00033587
Prentice, Bill | 0001 | MTC-00022576
Presley, Clyde | 0001 | MTC-00031261
Presley, Jim | 0001 | MTC-00011243
Pressler-Marshall, Martin | 0001 | MTC-00023501
Pressley, A. | 0001 | MTC-00003972
Pressley, Ancil R. | 0001 | MTC-00006530
Pressman, John and Sylvia | 0001 | MTC-00031284
Pressnell, Brett | 0002 | MTC-00018892
Presswalla, Hosheing | 0001 | MTC-00008626
Presterman, Neil | 0004 | MTC-00026553
Preston, Anthony | 0001 | MTC-00020652
Preston, Dick | 0001 | MTC-00001091
Preston, John | 0001 | MTC-00008849
Preston, Malena | 0001 | MTC-00008289
Preston, Rob | 0001 | MTC-00014821
Preston, Timothy | 0001 | MTC-00015701
Prestopino, Nancy | 0001 | MTC-00009685
Pretchel, Gordon | 0001 | MTC-00024521
Pretlow, Robert | 0002 | MTC-00009252
Prets, Edward & Carol | 0001 | MTC-00009662
Prettyman, Mike | 0002 | MTC-00025126
Preul, Mark | 0001 | MTC-00024740
Prevallet, James | 0002 | MTC-00006227
Prevatte, Archie | 0001 | MTC-00023397
Prevo, Ken | 0001 | MTC-00001029
Prevots, Claude | 0001 | MTC-00032662
Prevots, Claude | 0001 | MTC-00032383
Prewett, Geoffrey | 0001 | MTC-00020148
Prezkop, John | 0001 | MTC-00014446
Pribble, Marv | 0001 | MTC-00017390
Priby@ aol.com | 0001 | MTC-00005889
Price, Alan | 0001 | MTC-00032809
Price, Allen | 0001 | MTC-00027675
Price, Andrew | 0001 | MTC-00023516
Price, Andrew | 0001 | MTC-00025347
Price, Donald | 0001 | MTC-00030689
Price, Donna | 0001 | MTC-00032932
Price, Fern | 0001 | MTC-00006004
Price, Hallie M. | 0001 | MTC-00030172
Price, Joe S. | 0001 | MTC-00026823
Price, Judy | 0001 | MTC-00008036
Price, Kelly | 0001 | MTC-00018388
Price, Kevin | 0002 | MTC-00024138
Price, Larry A. | 0002 | MTC-00004812
Price, Lawrence | 0001 | MTC-00005565
Price, Lillie | 0001 | MTC-00012255
Price, Mark | 0001 | MTC-00011461
Price, Michael | 0001 | MTC-00002871
Price, Michael | 0001 | MTC-00032069
Price, Paula | 0001 | MTC-00004282
Price, Phyllis | 0001 | MTC-00010581
Price, Richard | 0001 | MTC-00023157
Price, Richard | 0004 | MTC-00027126
Price, Robert | 0001 | MTC-00025720
Price, Ron | 0001 | MTC-00019677
Price, Sandra | 0001 | MTC-00012655
Price, Seth | 0001 | MTC-00018465
Price, Terry | 0001 | MTC-00009516
Price, Tom | 0002 | MTC-00017699
Price, Wes | 0001 | MTC-00015112
Pricer, Edward | 0001 | MTC-00015242
Pricharol, Melody | 0001 | MTC-00031203
Prickett, Gary | 0001 | MTC-00011694
Prickett, Gary | 0001 | MTC-00021794
Prickett, Robert G. | 0001 | MTC-00028000
Prickett, Shannon | 0001 | MTC-00022707
Pridavka, Mike | 0001 | MTC-00014031
Priday, H. Leslie | 0001 | MTC-00009905
Prideaux, Gary | 0001 | MTC-00000304
Prideaux, Gary | 0001 | MTC-00000316
Pridmore, Larry | 0001 | MTC-00024213
Priel, Peter | 0002 | MTC-00012706
Priest, Heather | 0001 | MTC-00027106
Priest, Jim | 0001 | MTC-00015416
Priest, W. Curtiss | 0002 | MTC-00028425
Priest, W. Curtiss | 0002 | MTC-00028763
Priffer, Andy | 0001 | MTC-00017207
Priftis, Ted | 0001 | MTC-00022301
Prigam, Scott | 0001 | MTC-00030634
Primeau, Don G. | 0001 | MTC-00029081
Primm, Michele | 0001 | MTC-00007430
Prince, Kelly | 0001 | MTC-00009846
Prince, Lee | 0001 | MTC-00005431
Prince, Louis | 0002 | MTC-00033170
Pringle, Todd | 0002 | MTC-00019905
Prioste, Jerry and Annette | 0001 | MTC-00026183
Pritchard, Colin | 0001 | MTC-00026130
Pritchard, Mike | 0001 | MTC-00009231
Pritchard, Mike | 0001 | MTC-00032409
Pritchett, Michael | 0001 | MTC-00017757
Pritchett, Richard | 0002 | MTC-00010705
Pritikin, Joshua N. | 0001 | MTC-00004172
Prive, Scott | 0001 | MTC-00020848
Prive, Scott | 0001 | MTC-00000414
Privitera, Harley | 0001 | MTC-00018523
Pro Comp | 0228 | MTC-00030608
Probst, Richard | 0002 | MTC-00027509
Proch, Greg | 0001 | MTC-00010031
Proctor, HAP | 0001 | MTC-00017060
Proctor, Mark | 0002 | MTC-00015045
Proctor, Mark | 0001 | MTC-00029904
Professor | 0001 | MTC-00013090
Proffit, Spencer | 0001 | MTC-00018754
Proffitt, Anne | 0001 | MTC-00011655
Proffitt, John B. | 0001 | MTC-00021697
Prohodsky, John | 0001 | MTC-00012415
Projektor Films | 0002 | MTC-00013063
PRokop, Josh | 0001 | MTC-00023146
promo@ f1trading.com | 0001 | MTC-00004574
Proser, Lamar | 0001 | MTC-00016512
Prosper, David | 0001 | MTC-00017787
Prosser, Ryan R. | 0001 | MTC-00020065
Prostano, Emanuel | 0002 | MTC-00023460
Proud, Jerry | 0001 | MTC-00027168
Proud, Jerry | 0001 | MTC-00014128
Proudfit, Jean | 0001 | MTC-00025847
Provencher, David | 0001 | MTC-00008612
Provencher, David | 0001 | MTC-00012554
Provenzo, Christian | 0001 | MTC-00025922
Provenzo, Nicholas | 0011 | MTC-00030004
Provine, Darren | 0001 | MTC-00018129
Provo, Joe | 0001 | MTC-00022624
PROWLON99@ aol.com | 0001 | MTC-00008192
Prud'hommeaux, Marc | 0001 | MTC-00018141
Prude, Terrell | 0001 | MTC-00029243
Prugh, Scott | 0001 | MTC-00011087
Pruitt, Darren | 0001 | MTC-00017532
Pruitt, Joel | 0001 | MTC-00030984
Prukha, Chad | 0001 | MTC-00025950
Prus, Jeff | 0001 | MTC-00027420
Prus, Jeff | 0001 | MTC-00033533
Pruskin, Marc | 0002 | MTC-00032305
Pruskin, Michelle | 0001 | MTC-00014223
Pruver, Mark | 0010 | MTC-00028903
Pry, Tim | 0001 | MTC-00016397
Pryor, Bill | 0001 | MTC-00026415
Pryor, Michael | 0002 | MTC-00016546
pshoup@ juno.com | 0001 | MTC-00028188
pss@ comcast.net | 0001 | MTC-00028625
psychohist@ aol.com | 0005 | MTC-00001949
psyfybre@ netscape.net | 0001 | MTC-00016667
PTemeles@ aol.com | 0001 | MTC-00011077
ptros@ yahoo.com | 0001 | MTC-00017319
Pucci, Bill | 0001 | MTC-00025200
Pucci, Steve | 0001 | MTC-00002738
Puckett, James | 0001 | MTC-00023899
Puckett, James | 0001 | MTC-00033390
Puckett, James E. | 0001 | MTC-00008559
Puckett, Loy | 0001 | MTC-00032857
Puenkel, Steve | 0001 | MTC-00026039
Puente, Elizabeth | 0001 | MTC-00020772
Puetz, Greg | 0001 | MTC-00026728
Puffenberger, Kirk | 0001 | MTC-00030584
Pufky, Richard R. | 0001 | MTC-00017381
Puga, Jim | 0001 | MTC-00016411
Puggie, David | 0001 | MTC-00016746
Pugh, Jon | 0001 | MTC-00013447
Pugh, Jon | 0002 | MTC-00004233
Puh, Ann | 0002 | MTC-00030088
Pulaski, James | 0001 | MTC-00029403
Pulaski, Robert | 0001 | MTC-00023576
Pulfer, Doug | 0001 | MTC-00002599
Pulido, Ruben J. | 0001 | MTC-00002039
Pullam, J. Ray | 0001 | MTC-00030326
Pullaro, Jim | 0001 | MTC-00017734
Pullen, Lucy J. | 0002 | MTC-00030121
Pulley, Cecil | 0001 | MTC-00026499
Pulliam, Mark S. | 0001 | MTC-00031366
Pullin, Ann | 0001 | MTC-00029956
Pullins, Scott | 0001 | MTC-00028648
Pullins, Scott A. | 0001 | MTC-00014643
Puls, Linda | 0001 | MTC-00028432
Pulsifer, Dean | 0001 | MTC-00003043
Pulsipher, Jesse | 0001 | MTC-00019149
Punter, Emil | 0001 | MTC-00012652
Puntil, Jo | 0001 | MTC-00012446
Punto Info | 0001 | MTC-00007889
Puplis, Andrew | 0003 | MTC-00026967
Puram, Prakash | 0002 | MTC-00005551
Purcell, Art | 0002 | MTC-00030100
Purcell, Jerry | 0001 | MTC-00029564
Purcell, Jerry | 0001 | MTC-00027843
Purcell, Kelly J. | 0002 | MTC-00032157
Purdie, Debbie | 0001 | MTC-00013769
Purdie, Scott & Debbie | 0001 | MTC-00008216
Purdue, Barbara | 0001 | MTC-00007682
Purdum, John | 0001 | MTC-00004213
Purdy, Cameron | 0002 | MTC-00009733
Purdy, Jason | 0001 | MTC-00027294
Puri, Dev | 0001 | MTC-00023289
Puri, Monika | 0001 | MTC-00010998
Puri, Rohi | 0001 | MTC-00014377
Puri, Samir | 0001 | MTC-00013083
Purl, Scott | 0001 | MTC-00004688
Purl, Scott | 0001 | MTC-00015426
Purnell, David | 0001 | MTC-00031549
Purser, Jack | 0001 | MTC-00011498
Purser, Jack, Sr. | 0001 | MTC-00007849
Pursley, Hank | 0001 | MTC-00005387
Purushotham, Prakash | 0001 | MTC-00003087
Pusin, Herman | 0002 | MTC-00033245
Puskala, Aapo | 0001 | MTC-00023663
Put, Raymond L. | 0001 | MTC-00029275
Putman, Peter | 0001 | MTC-00018085
Putman, Stephen | 0002 | MTC-00004466
Putnam, John H. | 0001 | MTC-00025424
Putnam, Kyle | 0002 | MTC-00000616
Putnam, Larry | 0001 | MTC-00008826
Putnam, Michael | 0001 | MTC-00005855
Putt, Jim | 0002 | MTC-00030008
Putty, Mary D. | 0001 | MTC-00022040
Putzsch, Donald | 0001 | MTC-00001709
Pvigot, Forde | 0001 | MTC-00024127
pwknopp@ pacbell.net | 0001 | MTC-00015957
Pybus Jr, Joseph E. | 0001 | MTC-00003996
Pybusm Keith | 0002 | MTC-00009721
Pye, Lynn | 0001 | MTC-00015871
pyetka@ pt.alaska.net | 0001 | MTC-00028246
Pyle, Kathy | 0001 | MTC-00013801
Pyles, Margaret | 0001 | MTC-00021779
Pyrros, C. | 0003 | MTC-00000055
Pytel, Todd P. | 0001 | MTC-00023414
Qaid, Muneer | 0001 | MTC-00010650
Qian, Guoling | 0001 | MTC-00010735
qqq@ qqq.net | 0001 | MTC-00011134
QS Enterprises | 0001 | MTC-00029780
Qu, Alex H. | 0002 | MTC-00005055
Qu, Alex H. | 0001 | MTC-00030735
Quaas, Richard H. | 0001 | MTC-00002697
Quackenbos, Robert | 0001 | MTC-00009579
Quagliaroli, Conrad | 0001 | MTC-00013180
Quam, Amanda | 0001 | MTC-00030482
Quan, Mike | 0001 | MTC-00024329
Quandt, Judy | 0002 | MTC-00028456
Quartararo, Denise | 0001 | MTC-00021454
Quasimoto | 0001 | MTC-00001859
Quattlebaum, Pamela | 0002 | MTC-00030883
Queen, Hugh | 0001 | MTC-00028405
Queen, Paul | 0001 | MTC-00004214
Queen, Skip | 0001 | MTC-00021597
Queenan, John | 0003 | MTC-00018252
Quen, Dick | 0001 | MTC-00023087
Quest | 0001 | MTC-00004114
Quevedo, Ben | 0002 | MTC-00029750
Quezada, Mark | 0001 | MTC-00032107
Quick, Dave | 0001 | MTC-00026301
Quick, Linda | 0001 | MTC-00004369
Quick, Linda | 0001 | MTC-00007088
Quick, Lois | 0001 | MTC-00003851
Quick, Mark B. | 0001 | MTC-00013771
Quick, Scott | 0003 | MTC-00018235
Quiggle, Jeffrey J. | 0001 | MTC-00012859
Quigley, John | 0001 | MTC-00011069
Quigley, John | 0001 | MTC-00022893
Quigley, John E. | 0001 | MTC-00021565
Quigley, Ryan | 0001 | MTC-00016562
Quigley, Scott | 0002 | MTC-00005233
Quigley, Terry | 0001 | MTC-00027599
Quijada, Francia | 0002 | MTC-00029745
Quill, Erin | 0001 | MTC-00017453
Quimby, Wayne | 0001 | MTC-00001951
Quin, John | 0002 | MTC-00024419
Quincy, Jr | 0001 | MTC-00003502
Quinn, Bob | 0001 | MTC-00011761
Quinn, Clark | 0001 | MTC-00025337
Quinn, Denis | 0001 | MTC-00033405
Quinn, Dennis | 0001 | MTC-00023934
Quinn, Donald | 0001 | MTC-00032627
Quinn, Jeffrey | 0001 | MTC-00015513
Quinn, Jim | 0001 | MTC-00016973
Quinn, Micah | 0002 | MTC-00004708
Quinn, Roselma | 0001 | MTC-00007426
Quinn, Roselma L. | 0001 | MTC-00022027
Quinn, Stephen | 0001 | MTC-00011544
Quinn, Stephen | 0001 | MTC-00021857
Quinn, Stephen | 0001 | MTC-00005891
Quinn, Stephen | 0001 | MTC-00011534
Quinn, Stephen | 0001 | MTC-00011587
Quinn, Stephen | 0001 | MTC-00025142
Quinn, Stephen | 0001 | MTC-00031252
Quinones, Adrian | 0001 | MTC-00000333
Quinton, Wayne | 0001 | MTC-00029387
Quirk, Anna | 0001 | MTC-00027690
Quirk, Jane | 0001 | MTC-00027883
Quirk, John | 0001 | MTC-00027668
Quiroz, Michael | 0001 | MTC-00001982
Quitter, Roy | 0001 | MTC-00019242
Qureshi, Khalid | 0002 | MTC-00016109
r(r)hodg Hodgson | 0002 | MTC-00013194
R., Jason | 0001 | MTC-00015816
R., Jay | 0001 | MTC-00018430
r.heath@ attbi.com | 0001 | MTC-00027147
ra5thrct@ aol.com | 0001 | MTC-00014310
Raab, G. Richard | 0001 | MTC-00018092
Raad, Fahed | 0001 | MTC-00033859
Raasch, Dan | 0001 | MTC-00015575
Raatgerink, Bort | 0001 | MTC-00015033
Rabel, Paula and Bob | 0001 | MTC-00008619
Rabinavitch, Ilan | 0001 | MTC-00004043
Rabinovitch, Ilan | 0001 | MTC-00014911
Rabinovitz, Daniel | 0001 | MTC-00016067
Rabinowitz, David | 0001 | MTC-00006195
rabolduc@ capecod.net | 0001 | MTC-00014668
Rachels, Patrice | 0001 | MTC-00002923
Rachiele, Dino | 0001 | MTC-00025643
Rachiten, Don | 0001 | MTC-00030548
Rackers, Richard | 0001 | MTC-00031632
Rackers, Richard L. | 0001 | MTC-00031585
Raclaw, Greg | 0001 | MTC-00021915
Rad, Darius | 0001 | MTC-00016232
Radak, William | 0001 | MTC-00014279
Radbil, Alexandra | 0001 | MTC-00025599
Radcliff, Chris | 0001 | MTC-00017996
Radcliffe, Richard | 0001 | MTC-00020626
Raddie, M | 0001 | MTC-00009744
Radebaugh, Bruce | 0001 | MTC-00029132
Radeke, Donald | 0001 | MTC-00012542
Rademacher, Albert | 0002 | MTC-00032227
Rademacher, N. M. | 0001 | MTC-00012525
Rademacher, N.M. | 0001 | MTC-00007037
Rademaker, Garth | 0001 | MTC-00016693
Radford, Carol | 0001 | MTC-00010169
Radford, Gail | 0001 | MTC-00022473
Radigan, Jessica | 0001 | MTC-00033727
Radke, Richard | 0002 | MTC-00007120
Radke, Richard | 0001 | MTC-00012829
Radlow, Jeremy | 0001 | MTC-00017852
radpt@ hotmail.com | 0001 | MTC-00021966
Radtke, Carl | 0001 | MTC-00025940
Radtke, Roland | 0001 | MTC-00000191
Radwan, Jon | 0002 | MTC-00002518
Radway, Matt | 0002 | MTC-00018687
Rady, Ben | 0001 | MTC-00004985
Raedeker, Franziska | 0001 | MTC-00028681
Rael-Brook, Graham | 0001 | MTC-00006486
Raffaelli, Paulo | 0001 | MTC-00018705
Ragaihi, David | 0001 | MTC-00026141
Ragan, Donal | 0001 | MTC-00021170
Ragan, Regina | 0002 | MTC-00013722
Rage | 0001 | MTC-00002687
Ragole, Joe | 0001 | MTC-00003338
Ragsdale, Virgil | 0001 | MTC-00021227
Ragsdale,Ian | 0001 | MTC-00016916
Ragsdell, Blake | 0002 | MTC-00015356
Rahardja, Robert | 0001 | MTC-00002760
Rahim Hasan Z. | 0001 | MTC-00031145
Rahim, Hasan Z. | 0001 | MTC-00031159
Rahl, Don | 0001 | MTC-00022640
Rahl, Don | 0001 | MTC-00008885
Rahl, Francis | 0001 | MTC-00005540
Rahman, Faisal | 0001 | MTC-00015151
Rahrer, David | 0002 | MTC-00028766
Raible, Eric | 0001 | MTC-00023165
Rain, Tim | 0003 | MTC-00026334
Rainbows, Jason | 0002 | MTC-00010144
Rainey, Joanne | 0001 | MTC-00021908
Rains, R.J. | 0001 | MTC-00003367
Rainville, Michel G. | 0002 | MTC-00002585
Rainwater, Neal | 0001 | MTC-00021802
Raisler, Gordon | 0001 | MTC-00027522
Raisoni, Jay | 0001 | MTC-00014049
Raithel, John | 0001 | MTC-00003672
Raitio, Risto | 0002 | MTC-00007842
Raja, Immanuel J. | 0002 | MTC-00000555
Raju, Padma | 0001 | MTC-00006827
Rakhshani, Johanna | 0001 | MTC-00023401
Rakifi | 0001 | MTC-00009616
Rakor, Jerry | 0001 | MTC-00013705
Rakunas, Adam | 0001 | MTC-00017131
Rall, Marcus E. | 0002 | MTC-00011238
Rally for America | 0001 | MTC-00000297
Ralph | 0001 | MTC-00002581
Ralph | 0001 | MTC-00000660
Ralph Heymann | 0001 | MTC-00019729
ralphtheraccoon | 0001 | MTC-00018387
Ralston, Ron | 0002 | MTC-00017064
Ralston, Ron | 0001 | MTC-00031831
Ralyea, Robert H. | 0002 | MTC-00010221
Ralzlaff, Nell | 0001 | MTC-00001295
Ram, Tej | 0001 | MTC-00030270
Ramachandran, Ajay | 0001 | MTC-00028336
Ramamurthy, Nancy | 0001 | MTC-00001937
Ramamurti, Carol E. | 0001 | MTC-00030139
Raman, Karthik | 0001 | MTC-00011102
Ramanlal, Pradipkumar | 0003 | MTC-00027794
Ramanus, Charles F. | 0001 | MTC-00005127
Ramasami, Ronald | 0001 | MTC-00027280
Ramasubramania, Vijay | 0001 | MTC-00019852
Ramasubramanian, Vasant | 0001 | MTC-00026617
Rambacher, Henry | 0001 | MTC-00032996
Rambacher, Noreen | 0001 | MTC-00032998
Rambacher, Penny | 0002 | MTC-00033002
Ramerth, Douglas L. | 0002 | MTC-00005812
ramesh.shah@ sspsolutions.com | 0001 | MTC-00024794
Ramey, Betty | 0001 | MTC-00032554
Ramier, Don | 0002 | MTC-00024453
Ramirez, E. R. | 0001 | MTC-00020475
Ramirez, Jose | 0001 | MTC-00002831
Ramirez, Juan E. | 0001 | MTC-00029158
Ramirez, Ramon | 0001 | MTC-00032827
Ramirez, Ramon P. and Marie L | 0001 | MTC-00028210
Ramirez, Raul | 0001 | MTC-00002109
Ramirez, Steven | 0001 | MTC-00007625
Ramirez, Tony | 0001 | MTC-00014461
Ramm, Alexander | 0002 | MTC-00032983
Rammel, Donald | 0001 | MTC-00012640
Ramona Matthews | 0001 | MTC-00019719
Ramos, G. | 0001 | MTC-00001745
Ramos, Gabriel | 0002 | MTC-00002154
Ramos, Romy | 0001 | MTC-00012286
Ramos-Glew, Kevin | 0001 | MTC-00009520
Rampersad, Taran | 0003 | MTC-00004725
Ramsay, Anders | 0001 | MTC-00024149
Ramsay, Bruce | 0002 | MTC-00033353
Ramsay, Colin N. | 0001 | MTC-00025872
Ramsdell, Robert C. III | 0002 | MTC-00016374
Ramsell, Todd | 0001 | MTC-00013120
Ramsey, Bob | 0002 | MTC-00015496
Ramsey, Charles | 0001 | MTC-00031976
Ramsey, David | 0001 | MTC-00021158
Ramsey, Derek | 0001 | MTC-00018127
Ramsey, Ellen M. | 0002 | MTC-00028504
Ramsey, James | 0002 | MTC-00004951
Ramsey, Jeff | 0002 | MTC-00004081
Ramsey, Paul | 0001 | MTC-00016897
Ramsey, Shafer | 0001 | MTC-00003667
Ramsey, Tim | 0002 | MTC-00001241
Ramsey, William M. | 0001 | MTC-00002875
Ramstrom, Mike | 0001 | MTC-00003716
Ramus, Tom | 0001 | MTC-00032971
Ramzinski, Darin | 0001 | MTC-00019026
Rana, G.S. | 0001 | MTC-00007777
Rand, Wes | 0002 | MTC-00002201
randall, Alison | 0001 | MTC-00026111
Randall, Ann | 0001 | MTC-00026373
Randall, Clayton | 0001 | MTC-00019783
Randall, David | 0001 | MTC-00013093
Randall, John | 0001 | MTC-00005346
Randall, Robert | 0006 | MTC-00028562
Randall, William T. Jr. | 0001 | MTC-00021708
Randeth, Giacoma | 0001 | MTC-00001057
Randle, Gail | 0001 | MTC-00007229
Randle, Neil | 0002 | MTC-00031431
Randle, Neil | 0001 | MTC-00014257
Randolph, karl W. | 0002 | MTC-00023726
Randolph, Steven | 0001 | MTC-00004771
Randrup, Dorothy G. | 0001 | MTC-00012403
Randrup, Dorothy G. | 0001 | MTC-00008586
Rands, Gary and Marilyn | 0001 | MTC-00021729
Rands, Marilyn and Gary | 0001 | MTC-00007414
Randus | 0001 | MTC-00005100
Randvic@ aol.com | 0001 | MTC-00007852
Randy@ alperose.com | 0001 | MTC-00013812
Randy@ ReportWave.com | 0001 | MTC-00024831
Raney, Meredit | 0001 | MTC-00008462
Raney, Ron | 0001 | MTC-00003507
Raney, Ron | 0001 | MTC-00003508
Ranganarth, Anoop | 0001 | MTC-00019884
Ranies, Luke A. | 0004 | MTC-00014357
Rankin, Jim | 0001 | MTC-00016247
Rankin, Michael | 0001 | MTC-00022287
Rankine, Jeff | 0001 | MTC-00017815
Rannells, Ross | 0002 | MTC-00017889
Ransey, Earl R. | 0002 | MTC-00028492
Ransom, William | 0002 | MTC-00033513
Rao, Arun | 0001 | MTC-00027572
Rao, Milind | 0001 | MTC-00017826
Rao, Vinod | 0001 | MTC-00031339
raokert@ juno.com | 0001 | MTC-00017291
Rapbun, Cardine | 0001 | MTC-00030320
Raph | 0001 | MTC-00000171
Raphael, Damon S | 0001 | MTC-00016922
Raphael, Ed | 0001 | MTC-00029770
Rapka, Edward | 0004 | MTC-00002234
Raposo, Luis M. | 0001 | MTC-00013102
Rapp, jim | 0001 | MTC-00011344
Rapp, Mark | 0001 | MTC-00011074
Rapp, Sylvia | 0001 | MTC-00004793
Rappard, Jerry | 0001 | MTC-00004197
Rappoport, Avi | 0002 | MTC-00025680
Rapport, Steve | 0001 | MTC-00017880
Raquel | 0009 | MTC-00003551
Rarden, Scott | 0001 | MTC-00010131
Rasband, Linda | 0001 | MTC-00029335
Rasch, Cathie | 0001 | MTC-00030144
Raschen, David | 0001 | MTC-00015085
Rasen, Christopher | 0002 | MTC-00030369
Rashid, A. | 0001 | MTC-00007548
Raskin, Jef | 0002 | MTC-00004821
Rasmussen, Bob | 0002 | MTC-00004275
Rasmussen, Brett | 0002 | MTC-00027099
Rasmussen, Craig E. | 0001 | MTC-00022105
Rasmussen, David | 0002 | MTC-00012856
Rasmussen, Dean | 0001 | MTC-00002188
Rasmussen, Dick | 0001 | MTC-00030370
Rasmussen, Eric | 0001 | MTC-00025388
Rasmussen, Gary | 0001 | MTC-00009341
Rasmussen, Roger | 0002 | MTC-00019294
Rasmussen, Wally | 0001 | MTC-00011810
Rasmussen, Wally | 0001 | MTC-00006952
Rassbach, Marc | 0002 | MTC-00016745
Rassel, Steve | 0002 | MTC-00004679
Rassi, James B. | 0001 | MTC-00029180
Rast, Ella | 0002 | MTC-00032170
Rastani, Joan | 0001 | MTC-00001604
Rastly, Angela | 0001 | MTC-00027187
Rastogi, Suresh C. | 0001 | MTC-00008459
Rath, Richard | 0001 | MTC-00033004
Rathkamp, Henry | 0001 | MTC-00006883
Rathlesberger, Howard | 0002 | MTC-00033230
Rati, Rob | 0001 | MTC-00016878
Ratliff, Dora | 0001 | MTC-00029109
Ratliff, Kevin | 0001 | MTC-00015330
Ratti, Dean and Urs | 0001 | MTC-00008664
Rattner, Bob | 0001 | MTC-00000363
Rattner, Bob | 0001 | MTC-00000203
Rattner, John | 0001 | MTC-00000263
Ratto, Mark | 0001 | MTC-00009199
RAtts, Lura | 0001 | MTC-00025203
Rau, Douglas | 0001 | MTC-00018841
Rau, Franz | 0001 | MTC-00024523
Rau, Stafford | 0001 | MTC-00016707
Raudunda, Mariam | 0002 | MTC-00027391
Rauen, Jeffrey | 0001 | MTC-00022650
Rauhauser, Neal | 0002 | MTC-00003628
Raulerson, Steve | 0001 | MTC-00032860
Raulhauser, Neal | 0001 | MTC-00017579
Raun, David | 0001 | MTC-00010121
Raupe, Marilyn | 0001 | MTC-00013429
Rausch, Bill | 0002 | MTC-00004930
Rausch, Mike | 0001 | MTC-00005821
Rauschenberger, Jon | 0001 | MTC-00020964
Rauscher, Carol | 0001 | MTC-00031150
Rauscher, Grant K. | 0001 | MTC-00011030
Rauschkolb, Mark | 0001 | MTC-00015528
Rausher, Mark | 0001 | MTC-00000180
raven3001 | 0001 | MTC-00012092
Ravenn, Shane | 0001 | MTC-00004398
Ravensberg, Maurice and Doraleen | 0001 | MTC-00010787
Ravert, Raymond | 0001 | MTC-00010041
Ravi | 0001 | MTC-00025293
Ravichandran, M. G. | 0001 | MTC-00005523
Ravitz, Evan | 0002 | MTC-00026791
Rawady, Doug | 0001 | MTC-00020934
Rawlins, Clark | 0001 | MTC-00015080
Rawson, Brian | 0001 | MTC-00006038
Rawson, E. Blaine | 0002 | MTC-00030063
Rawsthorne, James | 0001 | MTC-00014380
Ray | 0001 | MTC-00000959
Ray, Alex | 0001 | MTC-00011926
Ray, Bettye | 0001 | MTC-00012009
Ray, Bob | 0001 | MTC-00028560
Ray, Brian | 0001 | MTC-00017969
Ray, Brian | 0001 | MTC-00024634
Ray, Chris | 0001 | MTC-00001530
Ray, Debes | 0001 | MTC-00006404
Ray, Edward W. | 0001 | MTC-00004095
Ray, Jack | 0001 | MTC-00006585
Ray, Jeff | 0001 | MTC-00031614
Ray, Jessie | 0001 | MTC-00020790
Ray, Jonathan | 0001 | MTC-00019525
Ray, Lindsay | 0001 | MTC-00033564
Ray, Lindsay | 0001 | MTC-00027510
Ray, Mary | 0001 | MTC-00031412
Ray, Matthew | 0001 | MTC-00016465
Ray, Stephen | 0001 | MTC-00000206
Ray, Stephen | 0001 | MTC-00023947
Ray, Thurman J | 0001 | MTC-00025442
Ray, Timothy | 0002 | MTC-00032348
Ray, Vance | 0001 | MTC-00008029
ray-dubcak@ tcx.acer.com | 0002 | MTC-00004293
Ray2001 | 0001 | MTC-00023499
Ray2001@ aol.com | 0001 | MTC-00005533
ray@ greeble.com | 0001 | MTC-00024567
ray@ rcjsoftware.com | 0001 | MTC-00010334
Rayburn, Cy | 0001 | MTC-00012153
raydeschenes@ mpainc.com | 0001 | MTC-00024298
raygps@ cs.com | 0001 | MTC-00028221
rayh1933@ aol.com | 0001 | MTC-00025184
Rayhons, Kevin | 0001 | MTC-00015934
Rayhorns, Kevin | 0002 | MTC-00016294
Raymer, Daniel | 0001 | MTC-00012793
Raymond, Tom | 0001 | MTC-00018620
raynes@ charter.net | 0001 | MTC-00014519
Raynor, Andy | 0001 | MTC-00011227
Raypholtz, Jeannette | 0001 | MTC-00011448
Raza, Shah | 0002 | MTC-00010755
rbayuga@ hotmail.com | 0001 | MTC-00021416
RBeck89373@ aol.com | 0001 | MTC-00010678
rbelliveau@ reliability.com | 0001 | MTC-00021976
RBinzley@ aol.com | 0001 | MTC-00007058
rbrooks@ amaesd—net.com | 0001 | MTC-00028065
rbruner@ ctesc.net | 0001 | MTC-00011309
rbryant1 | 0001 | MTC-00013937
RBSB@ att.net | 0001 | MTC-00028197
rburo@ temple.iso.tenet.edu | 0001 | MTC-00022011
Rbuzz1931@ aol.com | 0001 | MTC-00003951
RC | 0001 | MTC-00023830
rcrodgers@ att.net | 0001 | MTC-00001032
rcw | 0001 | MTC-00007482
rdh@ amazonline.com | 0001 | MTC-00014669
rdill@ neo.lrun.com | 0001 | MTC-00014316
RDL300619@ aol.com | 0001 | MTC-00008515
rdo@ community.net | 0001 | MTC-00028624
rdollar@ avaya.com | 0001 | MTC-00012732
rdornbos@ aol.com | 0001 | MTC-00024769
Rea, Jerry | 0001 | MTC-00033665
Read, Danny | 0001 | MTC-00017210
Read, Don | 0001 | MTC-00031055
Read, Drew D. | 0001 | MTC-00009423
Read, Juan | 0001 | MTC-00026382
Read, Noah | 0001 | MTC-00014094
Read, Terry L. | 0001 | MTC-00011757
Reade, Chris | 0001 | MTC-00009525
Readen, Elaine | 0001 | MTC-00011884
Reader, Terry | 0001 | MTC-00006598
Reades, Jon | 0002 | MTC-00015624
Readout, Clifford | 0001 | MTC-00023398
Reagan, Dawn | 0002 | MTC-00033355
Reagan, Dawn | 0002 | MTC-00023840
Reagan, Peggi | 0001 | MTC-00020191
Reagor, Frank | 0001 | MTC-00012302
Real Networks, Inc. | 0034 | MTC-00029305
Reames, Calvin | 0001 | MTC-00004545
Reardon, Joe | 0001 | MTC-00006868
Reardon, Joseph | 0001 | MTC-00013772
Reashore, Josh | 0001 | MTC-00024151
Reasoning, SI | 0001 | MTC-00018015
Reasonover, Todd | 0001 | MTC-00029553
Reaume, Ray | 0001 | MTC-00005456
Reaves, Darrel | 0001 | MTC-00020784
REavie, Bret | 0001 | MTC-00027128
Rebandt Sr., Ralph | 0001 | MTC-00008873
Rebard | 0001 | MTC-00001259
Rebard, Barbara | 0001 | MTC-00012582
Rebard, Barbara | 0001 | MTC-00005781
Rebellon, Cesar | 0001 | MTC-00024492
Rebovich, George | 0001 | MTC-00024162
Rebullida, Simon | 0001 | MTC-00013149
Recaido, Deo | 0001 | MTC-00010962
recarter@ interserv.com | 0001 | MTC-00017290
Rech, Paul | 0001 | MTC-00003462
Rechs, Matthew | 0001 | MTC-00016044
Rechs, Matthew J. | 0002 | MTC-00030386
Recine, Greg | 0001 | MTC-00016859
Recktenwald, Gerald | 0001 | MTC-00003229
Rector, Paul | 0001 | MTC-00021950
Rector, Stephen | 0002 | MTC-00005029
Reda, Al | 0001 | MTC-00031545
redbell@ cox.net | 0001 | MTC-00013825
Reddick, Mary Jo | 0001 | MTC-00032418
Reddick, Mary Jo | 0001 | MTC-00009441
Reddie, Bill | 0002 | MTC-00033096
Redding, Brian | 0001 | MTC-00023393
Reddy, Richard | 0002 | MTC-00004194
Redelmeier, D. Hugh | 0002 | MTC-00027546
rederin | 0001 | MTC-00017022
Redfearn, Brad | 0001 | MTC-00014305
Redfern, Bob | 0001 | MTC-00027094
Redfern, Rick | 0001 | MTC-00010486
Redfern, Valda | 0001 | MTC-00008171
Redgrave, John | 0001 | MTC-00008362
RedHat, Inc. | 0068 | MTC-00030616
Redman, Chad | 0004 | MTC-00025122
Redmond, Sean | 0001 | MTC-00016920
Redolfi, Donald | 0002 | MTC-00015049
REdovtey, Brian | 0001 | MTC-00019226
Redsoccerdevill | 0001 | MTC-00025421
Redstone, Joshua | 0001 | MTC-00003651
Reece, Anne | 0001 | MTC-00023399
Reece, Jack | 0001 | MTC-00006508
Reece, Jack | 0001 | MTC-00027666
Reece, Richard | 0001 | MTC-00006903
Reece, Roger | 0002 | MTC-00008734
Reed, Ann | 0001 | MTC-00009201
Reed, Brian | 0002 | MTC-00027455
Reed, Btruce | 0002 | MTC-00014028
Reed, Cheryll | 0001 | MTC-00008525
Reed, David M. | 0004 | MTC-00026534
Reed, Dick | 0001 | MTC-00005924
Reed, Doug | 0001 | MTC-00023577
Reed, Elmer | 0001 | MTC-00022970
Reed, Eric | 0001 | MTC-00027269
Reed, J. Paul | 0001 | MTC-00014863
Reed, Joe | 0001 | MTC-00027397
Reed, Mark | 0001 | MTC-00016066
Reed, Mark | 0001 | MTC-00011691
Reed, Mark | 0001 | MTC-00005422
Reed, Matthew | 0001 | MTC-00025752
Reed, Pa | 0001 | MTC-00013792
Reed, Richard | 0001 | MTC-00015824
Reed, Robert | 0001 | MTC-00032641
Reed, Russell | 0001 | MTC-00022784
Reed, Stephean | 0001 | MTC-00017170
Reed, Steven O. | 0001 | MTC-00001874
Reeder, Joshua | 0001 | MTC-00003505
Reeder, Ralph | 0001 | MTC-00012789
reedg@ localnet.com | 0001 | MTC-00014497
Reents, Henry | 0001 | MTC-00030137
Rees, Allan | 0001 | MTC-00023518
Rees, David | 0001 | MTC-00022735
Rees, Jan and Dick | 0001 | MTC-00010098
Rees, Lynn C. | 0005 | MTC-00023944
Rees, Matthew | 0001 | MTC-00017867
Rees, Matthew | 0002 | MTC-00026248
Reese, Clara | 0001 | MTC-00012236
Reese, Dan | 0001 | MTC-00002368
Reese, Gary A. | 0002 | MTC-00031712
Reese, John | 0001 | MTC-00005149
Reese, Mark and Barbara | 0001 | MTC-00006644
Reese, Susan | 0001 | MTC-00012336
Reeser, Jacquelyn R. | 0001 | MTC-00029596
Reestrom, Ross J. | 0002 | MTC-00017184
Reeves, Jerry and Crooine | 0001 | MTC-00008620
Reeves, Marshall | 0001 | MTC-00016291
Reeves, Maurice | 0001 | MTC-00015286
Refarth, Howard F. | 0001 | MTC-00032934
REG | 0001 | MTC-00001366
Reg@ elvis.com | 0001 | MTC-00028705
Regad, Eugene | 0003 | MTC-00017194
Regal, Robert | 0001 | MTC-00021122
Regan, Jeff | 0001 | MTC-00031910
Regan, Kevin | 0001 | MTC-00005527
Regets, Nancy Marie | 0001 | MTC-00010485
Reggie, Raphael S. | 0001 | MTC-00022354
Regina, Joseph | 0001 | MTC-00003948
Regina, Joseph | 0001 | MTC-00024433
Reguera, Jose | 0001 | MTC-00000810
Rehbein, Jeff | 0003 | MTC-00033546
Rehbein, Jeff | 0003 | MTC-00027463
Rehder, Julie L. | 0001 | MTC-00031956
Rehder, Matt | 0001 | MTC-00018040
Rehg, Larry | 0001 | MTC-00007910
Rehi, Hartmut | 0001 | MTC-00009222
Rehnke, Eric | 0002 | MTC-00004104
Rehor, Charlie | 0001 | MTC-00012806
Rehorka, Gary | 0001 | MTC-00001194
Reich, Fred | 0002 | MTC-00032284
Reich, Fred | 0002 | MTC-00032461
Reich, Jason | 0001 | MTC-00020215
Reich, Larry | 0001 | MTC-00009280
Reichard, Margaret | 0002 | MTC-00033199
Reichard, Paul | 0001 | MTC-00026715
Reichen, Rheboris and Lloyd | 0001 | MTC-00026472
Reichman, Jeremy | 0002 | MTC-00001815
Reid, Charles | 0001 | MTC-00031343
Reid, David | 0001 | MTC-00000003
Reid, Edward W. | 0001 | MTC-00008288
Reid, Elnora | 0001 | MTC-00023225
Reid, Gary | 0001 | MTC-00029852
Reid, Gary & Susan | 0001 | MTC-00030173
Reid, Jeanette Miles | 0001 | MTC-00011440
Reid, John | 0002 | MTC-00030268
Reid, Loyce | 0001 | MTC-00005950
Reid, Nancy | 0001 | MTC-00006542
Reid, Ray | 0001 | MTC-00005308
Reid, Ray | 0001 | MTC-00003547
Reid, Ray | 0001 | MTC-00011003
Reid, Ray | 0001 | MTC-00022393
Reif, Tobias | 0001 | MTC-00014908
Reigle, Brian | 0001 | MTC-00022573
Reilley, John P. | 0001 | MTC-00005808
Reilly, Andrew | 0001 | MTC-00015590
Reilly, Andrew | 0001 | MTC-00021628
Reilly, Bill | 0001 | MTC-00009213
Reilly, Bill | 0001 | MTC-00010376
Reilly, Colleen | 0002 | MTC-00028839
Reilly, Duane | 0001 | MTC-00003548
Reilly, James S. | 0001 | MTC-00005755
Reilly, Leo | 0001 | MTC-00021877
Reilly, Michael | 0001 | MTC-00030317
Reilly, Paul | 0001 | MTC-00018124
Reilly, Paul M. | 0001 | MTC-00002867
Reilly, Sean | 0002 | MTC-00021147
Reilly, Wendy | 0001 | MTC-00006580
Reiman, Charlie | 0001 | MTC-00022349
Reimer, Catherine | 0002 | MTC-00033104
Reimisch | 0001 | MTC-00001785
Reinemer, Walter M. | 0001 | MTC-00002993
Reinert, Rob | 0001 | MTC-00029928
Reingehl, Barbara | 0001 | MTC-00008180
Reinhardt, Robert | 0001 | MTC-00032992
Reinhardt, Sonja | 0001 | MTC-00013628
Reinhardt, Steven | 0002 | MTC-00015548
Reinke, Matthew | 0001 | MTC-00018121
Reinman, Ray and Helene | 0003 | MTC-00004033
Reinoehl, Barbara | 0001 | MTC-00013922
Reinstadtler, Diane | 0001 | MTC-00020470
Reisenleiter, MHrry | 0002 | MTC-00013943
Reiser, Anne | 0001 | MTC-00025374
Reiser, Hans | 0005 | MTC-00027808
Reisinger, Craig | 0001 | MTC-00026047
Reisler, Marty | 0006 | MTC-00032325
Reisman, Brain M. | 0001 | MTC-00023273
Reisman, Marica and Joseph | 0001 | MTC-00008811
Reiss, Joanne | 0001 | MTC-00007381
Reist | 0001 | MTC-00028071
Reiszner, Kenneth D. | 0001 | MTC-00003098
Reitmeier, Vera | 0001 | MTC-00007921
Reitmeier, Vera | 0001 | MTC-00011449
Reitz, Andrew | 0001 | MTC-00027560
Reitz, Jay | 0001 | MTC-00000893
Reitz, Leslie | 0001 | MTC-00022197
Reitzin, Elyse | 0001 | MTC-00006362
Reizakis, Athena | 0001 | MTC-00011854
Rejemer, Daniel and Weyworth, Rebecca | 0001 | MTC-00030012
Rejzek, Jim | 0001 | MTC-00006570
Rekdal, Thomas | 0001 | MTC-00032993
REKLAWCR@ aol.com | 0001 | MTC-00026151
Relford, Carl | 0001 | MTC-00021701
RelProMax & App | 0029 | MTC-00030631
Rembe, Harry | 0001 | MTC-00024586
Remington, Robert | 0002 | MTC-00004585
Remington, Robert | 0003 | MTC-00004595
Remington, Robert | 0001 | MTC-00011184
Remington, Robert | 0002 | MTC-00002560
Remington, Robert | 0003 | MTC-00002688
Remington, Robert | 0001 | MTC-00007484
Remington, Robert | 0003 | MTC-00008588
Remington, Robert | 0003 | MTC-00009631
Remmers, Edward | 0001 | MTC-00027646
Remsen, Donald S. | 0002 | MTC-00018451
Remshak, Tom | 0002 | MTC-00032340
Ren, Albert | 0001 | MTC-00019465
Renaudsprincess@ aol.com | 0001 | MTC-00013991
Render, John | 0003 | MTC-00033392
Rendu, Yannick | 0001 | MTC-00001312
Reneau, Robert | 0001 | MTC-00021594
reneehudon | 0001 | MTC-00026742
Renforth, Howard F. | 0001 | MTC-00008052
Renfrow, Jim | 0001 | MTC-00007694
Renfrow, Jim | 0001 | MTC-00007928
Renk, John | 0001 | MTC-00008958
Renner, Ben | 0002 | MTC-00019430
Renner, David J. | 0002 | MTC-00028424
Renner, Will | 0001 | MTC-00022561
Rennie, David | 0001 | MTC-00023053
Reno, Robert | 0002 | MTC-00003499
Renshaw, Scott | 0001 | MTC-00014427
renslin@ enslinpc.com | 0001 | MTC-00011297
Rentel, Richard | 0002 | MTC-00033163
Rentner, James | 0001 | MTC-00032668
Renz, Barbara | 0001 | MTC-00001394
Reo, Liz | 0001 | MTC-00008731
Reolon, Reto | 0001 | MTC-00018604
Repke, Bill | 0001 | MTC-00018096
Repman, Lloyd | 0001 | MTC-00026367
Reppun, Alika | 0001 | MTC-00031921
Repucci, Stephen | 0002 | MTC-00017061
Requenes, Max | 0001 | MTC-00015546
Rerick, Michael | 0001 | MTC-00014250
Resch, Larry | 0001 | MTC-00019255
Reseinleiter, Harry | 0001 | MTC-00000072
Resl, Phillipp | 0001 | MTC-00010565
Resler, John | 0001 | MTC-00021474
Ressel, Josef | 0001 | MTC-00024783
Ressler, James | 0001 | MTC-00000162
Restly, Donald J. | 0002 | MTC-00011674
Restly, Frank | 0002 | MTC-00013588
Retama, Arturo Rafael Martinez | 0001 | MTC-00032257
retraxx@ hotmail.com | 0001 | MTC-00028160
Rettke, Brandon | 0001 | MTC-00027756
Reuss, Karl | 0001 | MTC-00023514
Reuter, A. | 0001 | MTC-00023616
reuter, Brian | 0001 | MTC-00018861
Reuter, Jon V. | 0003 | MTC-00023904
Reuter, Mark | 0001 | MTC-00019941
Reveto, Chris | 0001 | MTC-00004358
Revira, Carlos | 0001 | MTC-00003566
Revnyak, Adelaide | 0001 | MTC-00030676
Rey, Curtis | 0001 | MTC-00008899
Rey, Curtis | 0001 | MTC-00017900
Reyes, Manuel | 0001 | MTC-00005996
Reyes, Rafael | 0001 | MTC-00009766
Reylek, Chip | 0001 | MTC-00008806
Reynolds, Andrew P. | 0001 | MTC-00004041
Reynolds, B. Charles | 0002 | MTC-00017638
Reynolds, Bart | 0001 | MTC-00018704
Reynolds, Clyde | 0001 | MTC-00024656
Reynolds, David F. | 0001 | MTC-00016386
Reynolds, Edie P. | 0001 | MTC-00033729
Reynolds, James | 0001 | MTC-00001188
Reynolds, James | 0001 | MTC-00001453
Reynolds, Joyce A. | 0002 | MTC-00010664
Reynolds, Kentun | 0001 | MTC-00011364
Reynolds, Kentyn | 0001 | MTC-00011393
Reynolds, Mark | 0001 | MTC-00002759
Reynolds, Paul | 0005 | MTC-00019042
Reynolds, Philip | 0001 | MTC-00023596
Reynolds, Tim | 0001 | MTC-00030952
Reyst, John | 0001 | MTC-00000553
Reyst, John | 0002 | MTC-00016471
rflinn—74@ email.msn.com | 0001 | MTC-00014340
rflor@ scisyscomputergroup.com | 0001 | MTC-00013821
RFWeg@ aol.com | 0001 | MTC-00007907
RGreen2829@ aol.com | 0001 | MTC-00012761
RGrub@ aol.com | 0001 | MTC-00009108
Rhea, Alice | 0001 | MTC-00006039
Rhea, B. Eaton | 0001 | MTC-00008446
Rhees, jan | 0001 | MTC-00007773
Rhein, John | 0001 | MTC-00021176
Rheinhardt, Richard | 0001 | MTC-00025397
rheining@ rochester.rr.com | 0001 | MTC-00025835
Rhemoe | 0001 | MTC-00022979
Rhine, Jim | 0001 | MTC-00000808
Rhinehardt, Peter K. | 0001 | MTC-00002127
Rhinehart, Carolyn | 0001 | MTC-00025939
rhjenkin@ ix.netcom.com | 0001 | MTC-00011425
Rhoades, Dewitt | 0002 | MTC-00030633
Rhoades, Kitty | 0002 | MTC-00030741
Rhoades, Terry | 0002 | MTC-00014225
Rhoads, David | 0002 | MTC-00029141
Rhoads, James | 0001 | MTC-00006244
Rhoads, Larry E. | 0001 | MTC-00000110
Rhodes, Eugene and Ilene | 0001 | MTC-00032956
Rhodes, James | 0001 | MTC-00007655
Rhodes, James | 0001 | MTC-00007656
Rhodes, James Nicholas | 0002 | MTC-00001247
Rhodes, Jeffrey | 0001 | MTC-00030243
Rhodes, Ronald | 0002 | MTC-00011384
Rhodes, Vaughn | 0002 | MTC-00028022
Rhodes, Vaughn | 0003 | MTC-00028674
rhoss1@ wk.net | 0001 | MTC-00013828
Rhymen, Keath | 0001 | MTC-00020556
Rhys Ulerich | 0001 | MTC-00019743
Rial, Tom | 0002 | MTC-00014306
iav, S. Ben | 0002 | MTC-00032394
Ribelin, Nate and Sandra | 0001 | MTC-00008158
ribozo@ hotmail.com | 0001 | MTC-00016036
Ric | 0002 | MTC-00001993
ricardo—wehger@ hotmail.com | 0001 | MTC-00010330
Ricci, Nathan | 0001 | MTC-00019314
Rice, Adam | 0002 | MTC-00002059
Rice, Barbara | 0001 | MTC-00006094
Rice, Bill | 0002 | MTC-00008503
Rice, Colby | 0001 | MTC-00017335
Rice, David L. | 0001 | MTC-00008683
Rice, Frank | 0001 | MTC-00005088
Rice, Gregg | 0001 | MTC-00024035
Rice, Houston | 0001 | MTC-00011951
Rice, Houston W. | 0001 | MTC-00006753
Rice, Howard | 0001 | MTC-00022388
Rice, Jed | 0002 | MTC-00032813
Rice, Kevin | 0002 | MTC-00033558
Rice, Kevin D | 0002 | MTC-00027492
Rice, Mark S. | 0001 | MTC-00019407
Rice, Mike | 0001 | MTC-00024333
Rice, Patricia | 0001 | MTC-00007045
Ricevuto, Pat | 0001 | MTC-00004240
Ricevuto, Pat | 0001 | MTC-00009835
Ricevuto, Patrick | 0010 | MTC-00002233
Rich | 0001 | MTC-00010181
Rich, Allen | 0001 | MTC-00007059
Rich, Derek | 0001 | MTC-00013455
Rich, Frank M. III | 0001 | MTC-00024519
Rich, Lydia | 0001 | MTC-00028914
Rich, Lydia | 0001 | MTC-00028897
rich.cech@ home.com | 0001 | MTC-00021407
Richard | 0003 | MTC-00032084
Richard | 0001 | MTC-00011460
Richard | 0001 | MTC-00015346
Richard | 0001 | MTC-00026127
Richard, Gerald | 0001 | MTC-00013777
Richard, Helen and Ray | 0001 | MTC-00006473
Richard, Helen L. | 0001 | MTC-00030807
Richard, Todd | 0001 | MTC-00020788
Richards | 0001 | MTC-00013399
Richards, Beth Ann | 0001 | MTC-00020377
Richards, Chip | 0002 | MTC-00018757
Richards, Dag H. | 0001 | MTC-00002541
Richards, Janet | 0001 | MTC-00010963
Richards, Janette | 0001 | MTC-00029510
Richards, Karen | 0001 | MTC-00011861
Richards, Larry | 0001 | MTC-00029507
Richards, Morris | 0001 | MTC-00027776
Richards, Nicholas | 0001 | MTC-00018642
Richards, Nolan | 0001 | MTC-00031390
Richards, Paul J. | 0001 | MTC-00008487
Richards, Steve | 0001 | MTC-00019765
Richardson | 0001 | MTC-00025718
Richardson, Andy | 0002 | MTC-00016498
Richardson, Bill | 0001 | MTC-00003892
Richardson, Bill | 0001 | MTC-00008471
Richardson, Brad | 0001 | MTC-00000040
Richardson, Cheryl | 0002 | MTC-00014274
Richardson, Chris | 0001 | MTC-00013191
Richardson, Damon C. | 0001 | MTC-00017397
Richardson, David | 0001 | MTC-00022295
Richardson, David M. | 0001 | MTC-00006024
Richardson, Guy W. | 0001 | MTC-00031327
Richardson, Jack | 0001 | MTC-00021511
Richardson, James | 0001 | MTC-00024205
Richardson, John | 0001 | MTC-00005948
Richardson, Ken | 0001 | MTC-00030222
Richardson, Lovella | 0001 | MTC-00029151
Richardson, Mark L. | 0002 | MTC-00031432
Richardson, MW | 0001 | MTC-00022381
Richardson, Patty | 0001 | MTC-00030223
Richardson, Paul | 0001 | MTC-00001832
Richardson, Rick | 0002 | MTC-00017649
Richardson, Ron | 0001 | MTC-00013681
Richardson, Thomas D. | 0001 | MTC-00022153
Richardson, William | 0001 | MTC-00016672
richardvi2000@ aol.com | 0001 | MTC-00014319
Richart, Bill | 0002 | MTC-00011358
Richart, Bill | 0001 | MTC-00013117
Richburg, Wanda | 0001 | MTC-00022795
Richeson, John | 0001 | MTC-00006329
Richeson, John | 0001 | MTC-00023784
Richeson, Rod | 0001 | MTC-00016114
Richey, Michael | 0001 | MTC-00015713
Richey, Rufus | 0001 | MTC-00009218
Richey, Rufus | 0001 | MTC-00010503
Richins, Jack | 0001 | MTC-00011572
Richman, David | 0001 | MTC-00007142
Richman, Kevin | 0001 | MTC-00012550
Richman, Michael | 0002 | MTC-00026488
Richmond, Jason | 0001 | MTC-00015604
Richner, Carol | 0001 | MTC-00008317
RICHSTP@ aol.com | 0001 | MTC-00013608
Richter, Brian | 0002 | MTC-00003763
Richter, Jeff | 0001 | MTC-00021588
Richter, Jeremy | 0001 | MTC-00004757
Richter, William | 0002 | MTC-00014644
Rick | 0006 | MTC-00007053
Rick | 0001 | MTC-00011998
Rick | 0001 | MTC-00008261
Rick, Ken | 0002 | MTC-00014481
Rickard, Denise | 0001 | MTC-00006102
Rickard, Maurice | 0002 | MTC-00018047
Rickel, Ted | 0001 | MTC-00005986
Rickel, Ted | 0002 | MTC-00006018
Ricker, Rose P. | 0001 | MTC-00024439
Rickert, Kristian | 0001 | MTC-00000033
Ricketts, Jane | 0001 | MTC-00026735
Rickey, Jim | 0001 | MTC-00022749
Rickins, Jack | 0001 | MTC-00019257
Ricks, John | 0001 | MTC-00022347
Ricks, Robert | 0001 | MTC-00021049
Riddell, Jay | 0001 | MTC-00022010
Riddell, Jonathan | 0001 | MTC-00020474
Riddell, Lawrence | 0002 | MTC-00014651
Riddell, Lawrence | 0001 | MTC-00031733
Ridder, Marie | 0001 | MTC-00020615
Riddle, Doug | 0001 | MTC-00028572
Riddle, Doug | 0001 | MTC-00028653
Riddle, Gerald | 0001 | MTC-00031005
Riddle, Harry | 0002 | MTC-00029391
Riddle, Marilyn | 0001 | MTC-00027407
Riddle, Sharon | 0002 | MTC-00033133
Riddle, Steve | 0001 | MTC-00029035
Ridelmeier, Robert | 0001 | MTC-00003735
Rider, raymond | 0002 | MTC-00027754
Ridgard, Robert | 0001 | MTC-00004521
Ridge, Betty | 0001 | MTC-00027648
Ridge, John | 0001 | MTC-00033815
Ridgeway, Curt | 0001 | MTC-00027184
Ridley, Ash | 0001 | MTC-00024314
Ridley, Kay | 0001 | MTC-00020736
Riebe, Steve | 0001 | MTC-00027325
Riechers, Bernard | 0001 | MTC-00031032
Riechers, Garron | 0001 | MTC-00007927
Riechert, Brian | 0001 | MTC-00015785
Riedel, Larry | 0001 | MTC-00012880
Riegel, Nicholas | 0002 | MTC-00004141
Riemersma, Robert | 0003 | MTC-00020184
Riendeau, Patricia | 0002 | MTC-00025041
Riendeau, Patricia | 0001 | MTC-00026666
Riera, Laura | 0003 | MTC-00005394
Ries, Eric | 0002 | MTC-00004475
Riese, Beverly | 0002 | MTC-00033519
Rieth, Cary | 0001 | MTC-00026495
Rietmann, Ricky L. | 0001 | MTC-00014617
Rietmulder, Jay | 0001 | MTC-00003321
Riewitz, Martin | 0002 | MTC-00020509
Rife, Jamie | 0001 | MTC-00008798
Riffle, Rich | 0001 | MTC-00009014
Rigby, Bill | 0002 | MTC-00006211
Rigby, Harrison | 0001 | MTC-00019320
Rigel, Linda | 0001 | MTC-00013113
Riggio, Edward B. | 0001 | MTC-00009066
Riggio, Edward B. | 0001 | MTC-00026977
Riggs, Adam | 0001 | MTC-00017768
Riggs, David | 0001 | MTC-00029861
Riggs, Robert | 0001 | MTC-00017144
Rigsbee, Jason L. | 0002 | MTC-00029636
Rigsby, Jack | 0001 | MTC-00004987
Riha, Frank | 0001 | MTC-00015942
Riley, Chris | 0001 | MTC-00015793
Riley, Claudette | 0001 | MTC-00026420
Riley, Craig | 0001 | MTC-00010149
Riley, Erin | 0001 | MTC-00016801
Riley, J. David | 0001 | MTC-00026652
Riley, Mike | 0001 | MTC-00004841
Riley, Pat | 0001 | MTC-00009425
Riley, Sean | 0001 | MTC-00017604
Riley, Stanley | 0001 | MTC-00023336
Riley, Tom | 0001 | MTC-00007027
Riley, Travis | 0001 | MTC-00018780
Riley, William L. | 0001 | MTC-00015500
Rim, John Anthony | 0001 | MTC-00007786
Rimes, Eric | 0001 | MTC-00031552
Rimicci, Steve | 0001 | MTC-00000500
Rimmer, Jimmy | 0001 | MTC-00017837
Rimovsky, Tony | 0001 | MTC-00015571
Rinaldi, Ella | 0001 | MTC-00010040
Rinaldi, Paul | 0002 | MTC-00022424
Rincon, Juan Felipe | 0003 | MTC-00016569
Rineberg, Brian | 0001 | MTC-00005947
Rinehart, Chris | 0001 | MTC-00000466
Rinehart, Peter | 0001 | MTC-00023810
Ring, Matthew S. | 0001 | MTC-00016166
Ringer, Alden | 0001 | MTC-00032333
Ringer, Craig | 0002 | MTC-00000967
Ringer, Eric | 0001 | MTC-00014076
Ringering, Robert L. | 0001 | MTC-00005624
Ringgenberg, Roy | 0001 | MTC-00028931
Ringling, Wayne | 0001 | MTC-00021088
Ringrose, James | 0001 | MTC-00032948
Rinker, Bill | 0001 | MTC-00033280
Rio | 0001 | MTC-00013529
Riolo, Joseph Dietro | 0002 | MTC-00018898
Riordan, James | 0002 | MTC-00016601
Rioux, Ron | 0001 | MTC-00014158
Ripatton@ aol.com | 0001 | MTC-00005859
Ripeanu, Matei | 0001 | MTC-00019080
Ripley, Peter | 0001 | MTC-00015683
Ripley, Robert | 0002 | MTC-00027270
Rippey, Paul | 0002 | MTC-00001013
Rippy, Jonathan | 0001 | MTC-00017374
Rips, Kathleen | 0001 | MTC-00008347
Risch, George | 0001 | MTC-00003500
rishimo@ attglobal.net | 0001 | MTC-00006819
Risler, Keith | 0005 | MTC-00024533
Risley, Marvin | 0001 | MTC-00015966
Risner, James | 0002 | MTC-00016201
Risoldi, Gene | 0002 | MTC-00026815
Risor, Curt | 0002 | MTC-00001377
Riss, Eric | 0001 | MTC-00007235
Ristich, Stephen | 0001 | MTC-00004571
Ristroph, Robert G | 0004 | MTC-00004866
Ritcey, Benjamin | 0002 | MTC-00011338
Ritchie, John | 0001 | MTC-00008183
Ritchie, Marlin | 0001 | MTC-00005144
Ritenour, Russell | 0001 | MTC-00016494
Ritt, Jason | 0004 | MTC-00027589
Rittenhouse, Brad | 0001 | MTC-00015202
Ritter, Dan | 0001 | MTC-00018383
Ritter, David | 0001 | MTC-00014915
Ritter, Martin C. | 0001 | MTC-00010127
Rittgers, Tim | 0001 | MTC-00013554
Ritts, Gregory | 0001 | MTC-00026330
Rittwage, Walter | 0002 | MTC-00033243
Riva, Kathryn | 0001 | MTC-00030159
Riva, S. Ben | 0002 | MTC-00008998
Riva, Virginia | 0003 | MTC-00030658
Rivas, William | 0001 | MTC-00013697
Rive, David | 0001 | MTC-00032764
Rivenburgh, Reid | 0002 | MTC-00000929
River, Margaret M. | 0002 | MTC-00033061
Rivera, Bert | 0001 | MTC-00024719
Rivera, Gayle | 0001 | MTC-00005949
Rivera, Linda | 0001 | MTC-00026982
Rivera, Mark | 0001 | MTC-00019518
Rivera, William | 0001 | MTC-00005369
Riverhuken723@ cs.com | 0001 | MTC-00005365
Rivero, Juan | 0002 | MTC-00004516
Rivers, ANdres | 0001 | MTC-00003729
Rivers, Christopher | 0001 | MTC-00031193
Rivers, Jean | 0001 | MTC-00029488
Rivers, Lorin | 0001 | MTC-00001567
Rivers, Lorin | 0001 | MTC-00003938
Rives, Wayne | 0002 | MTC-00009195
rivey, Jacine | 0002 | MTC-00015689
Rixford, Emmet | 0001 | MTC-00009335
Rizo, Carmine | 0001 | MTC-00007440
Rizzo, Joe | 0001 | MTC-00015274
Rizzo, Joseph | 0001 | MTC-00011355
Rizzo, Raymond | 0001 | MTC-00000940
Rizzo, Richard | 0001 | MTC-00011731
Rizzo, Tom | 0001 | MTC-00011394
Rizzuto, C. R. | 0001 | MTC-00019633
Rizzuto,. C. R. | 0001 | MTC-00010475
RJ | 0001 | MTC-00023957
rjbayer | 0001 | MTC-00021356
rjm.rn1@ juno.com | 0001 | MTC-00028184
rjy@ mcsi.net | 0001 | MTC-00010462
rkasting@ dsscorp.com | 0003 | MTC-00003226
rkeller3@ csc.com | 0001 | MTC-00009483
RKing66208@ aol.com | 0001 | MTC-00018556
rklein8198@ aol.com | 0001 | MTC-00008042
rlanders1965@ yahoo.com | 0001 | MTC-00022000
RLFiala@ aol.com | 0001 | MTC-00011363
rlm357@ juno.com | 0001 | MTC-00010163
RLopez9153@ aol.com | 0001 | MTC-00008986
RLoveless@ fwenc.com | 0001 | MTC-00008841
rlstout@ aosi.com | 0001 | MTC-00017280
Rlundberg@ prodigy.net | 0001 | MTC-00013809
rmcgill3@ neo.rr.com | 0001 | MTC-00014574
RMeamis858@ aol.com | 0001 | MTC-00022210
RMINTZES@ aol.com | 0001 | MTC-00007490
rmjackso@ gfherald.infi.net | 0001 | MTC-00017278
RMKM8818@ aol.com | 0001 | MTC-00006200
rmkm8818@ aol.com | 0001 | MTC-00021235
rmontemorra@ att.net | 0001 | MTC-00006125
Rnal, Robert | 0001 | MTC-00031730
RNeff231@ aol.com | 0001 | MTC-00012568
Roach, Nathan | 0002 | MTC-00017134
Roach, Robert D. | 0001 | MTC-00027935
Roache, Bill | 0001 | MTC-00025403
Roadifer, Rod | 0001 | MTC-00002524
Roads, Nathan | 0001 | MTC-00027101
Roahrig, Jerry | 0001 | MTC-00020384
Roark, Rex | 0001 | MTC-00021900
Roark, Rod | 0001 | MTC-00002439
Roark, William | 0002 | MTC-00032252
Roaten, Robb | 0001 | MTC-00001796
Roathe, Lane | 0001 | MTC-00002101
Rob | 0001 | MTC-00001776
rob-smith@ dell.com | 0001 | MTC-00011318
Robb, Jake | 0001 | MTC-00027246
Robbins, Denise K. | 0002 | MTC-00004220
Robbins, Effie | 0001 | MTC-00006833
Robbins, Effie | 0001 | MTC-00027073
Robbins, Nicholas | 0001 | MTC-00017854
Robbins, Owen | 0001 | MTC-00021569
Robbins, Philip | 0001 | MTC-00008724
Robbins, Sharyn | 0002 | MTC-00033657
Roberg, Mark | 0001 | MTC-00020162
Roberson, Mickey | 0002 | MTC-00027258
Roberston, Jim | 0003 | MTC-00032598
Robert, Constance | 0001 | MTC-00030200
Robert, Dale | 0001 | MTC-00020867
Robert, Robert | 0001 | MTC-00021001
robert@ sherwing.com | 0001 | MTC-00014653
robertdenyer@ hotmail.com | 0001 | MTC-00024253
Roberto, Arias E. | 0001 | MTC-00002583
Roberts, Adami | 0001 | MTC-00001150
Roberts, Betty J. | 0001 | MTC-00007828
Roberts, Bob | 0001 | MTC-00023196
Roberts, Bud | 0001 | MTC-00015567
Roberts, Calvin | 0002 | MTC-00030283
Roberts, Charles | 0001 | MTC-00005713
Roberts, Constance | 0001 | MTC-00029851
Roberts, David | 0001 | MTC-00024872
Roberts, David | 0002 | MTC-00027438
Roberts, Dennis | 0001 | MTC-00016410
Roberts, George Gordon | 0001 | MTC-00014102
Roberts, Hal | 0002 | MTC-00015009
Roberts, Hal | 0001 | MTC-00025910
Roberts, Hank | 0001 | MTC-00023714
Roberts, Hugh | 0001 | MTC-00008767
Roberts, James | 0001 | MTC-00022697
Roberts, James | 0001 | MTC-00007234
Roberts, James H. And Sandra S. | 0001 | MTC-00032000
Roberts, Jan | 0001 | MTC-00005208
Roberts, Jeff | 0001 | MTC-00020353
Roberts, Jeff | 0001 | MTC-00023860
Roberts, Jerry | 0002 | MTC-00028353
Roberts, Jerry and Milfred | 0001 | MTC-00028287
Roberts, Jo | 0001 | MTC-00024091
Roberts, John | 0001 | MTC-00000176
Roberts, Jon | 0003 | MTC-00011953
Roberts, Jon | 0003 | MTC-00002171
Roberts, Joy Ann | 0001 | MTC-00023719
Roberts, L, Michael | 0001 | MTC-00015138
Roberts, Lawrence | 0001 | MTC-00007701
Roberts, Mark | 0001 | MTC-00012659
Roberts, Mark | 0004 | MTC-00026835
Roberts, Mark | 0001 | MTC-00022690
Roberts, Micahel | 0001 | MTC-00015899
Roberts, Michael | 0001 | MTC-00012980
Roberts, Michael | 0001 | MTC-00019842
Roberts, Michael | 0001 | MTC-00022790
Roberts, Phyliss | 0001 | MTC-00021483
Roberts, Richard | 0001 | MTC-00003663
Roberts, Rick W. | 0001 | MTC-00010661
Roberts, Robert D. | 0001 | MTC-00004163
Roberts, Ryan | 0002 | MTC-00000936
Roberts, Sean | 0004 | MTC-00027082
Roberts, Sherry | 0001 | MTC-00009716
Roberts, Susan | 0001 | MTC-00006120
Roberts, William J. | 0001 | MTC-00009225
Roberts, William S. Jr. | 0002 | MTC-00028050
Robertson, Barclay | 0001 | MTC-00022796
Robertson, David | 0001 | MTC-00000437
Robertson, Frankie Thomas | 0001 | MTC-00026505
Robertson, James | 0001 | MTC-00020691
Robertson, James | 0001 | MTC-00027228
Robertson, Jim | 0003 | MTC-00010821
Robertson, Jim | 0002 | MTC-00002055
Robertson, John | 0001 | MTC-00003732
Robertson, Juan | 0001 | MTC-00014396
Robertson, Kerry | 0001 | MTC-00002503
Robertson, Lance | 0001 | MTC-00029125
Robertson, Michael | 0003 | MTC-00029034
Robertson, Pandova | 0001 | MTC-00018589
Robertson, Paul D. | 0001 | MTC-00015169
Robertson, Peter | 0001 | MTC-00002669
Robertson, Robert | 0001 | MTC-00005311
Robertson, Ron | 0001 | MTC-00024631
robertsw@ mindspring.com | 0001 | MTC-00028232
Robie, Lee | 0002 | MTC-00012572
Robie, Sharon | 0001 | MTC-00011936
Robiehaud, James | 0001 | MTC-00014757
Robillard, Phyllis | 0001 | MTC-00031606
Robillard, Phyllis | 0001 | MTC-00031607
Robin | 0001 | MTC-00000803
Robinette, Marie | 0001 | MTC-00005660
Robino, Richard | 0002 | MTC-00020595
Robinon, Jared W. | 0001 | MTC-00015424
robinpur@ hotmail.com | 0001 | MTC-00028589
Robins, Frank | 0001 | MTC-00022421
Robins, Frank | 0001 | MTC-00022433
Robinson IV, John H. | 0001 | MTC-00018508
Robinson, Ben | 0001 | MTC-00007449
Robinson, Bill | 0003 | MTC-00009152
Robinson, Bill | 0001 | MTC-00022305
Robinson, Bob | 0001 | MTC-00005837
Robinson, Chris | 0001 | MTC-00020926
Robinson, David | 0001 | MTC-00024474
Robinson, David | 0001 | MTC-00028685
Robinson, David | 0001 | MTC-00026093
Robinson, Ed | 0001 | MTC-00012851
Robinson, Edward | 0002 | MTC-00020613
Robinson, Gary | 0001 | MTC-00023173
Robinson, Gene | 0001 | MTC-00006150
Robinson, George | 0001 | MTC-00017973
Robinson, Gerals | 0001 | MTC-00030205
Robinson, Henry | 0001 | MTC-00026411
Robinson, Herb | 0001 | MTC-00017450
Robinson, Herbie | 0001 | MTC-00020497
Robinson, Holly S. | 0001 | MTC-00017736
Robinson, Howard | 0002 | MTC-00001420
Robinson, James | 0001 | MTC-00009626
Robinson, James | 0001 | MTC-00006132
Robinson, Jan | 0002 | MTC-00024518
Robinson, Jason | 0001 | MTC-00017379
Robinson, Jason | 0002 | MTC-00003108
Robinson, Jerry | 0001 | MTC-00005571
Robinson, Jerry | 0001 | MTC-00025746
Robinson, Jim | 0001 | MTC-00022649
Robinson, Jim | 0001 | MTC-00013549
Robinson, John | 0001 | MTC-00007989
Robinson, Jonathan | 0001 | MTC-00018314
Robinson, Josie | 0001 | MTC-00003328
Robinson, Keith | 0001 | MTC-00018203
Robinson, Lucian | 0001 | MTC-00007222
Robinson, Mark | 0001 | MTC-00000695
Robinson, Miles | 0001 | MTC-00023040
Robinson, Peter | 0001 | MTC-00019455
Robinson, Philip | 0002 | MTC-00033044
Robinson, Phillip | 0001 | MTC-00022294
Robinson, Royce | 0001 | MTC-00024139
Robinson, Sheldon | 0001 | MTC-00027846
Robinson, Steve | 0001 | MTC-00009026
Robinson, T. J. | 0001 | MTC-00005711
Robinson, Thomas | 0001 | MTC-00014295
Robinson, Tom | 0001 | MTC-00019088
Robinson, Tom | 0001 | MTC-00031673
Robinson, Verne | 0002 | MTC-00033478
Robinson, Vernon | 0002 | MTC-00030701
Robinson, Walter | 0001 | MTC-00025400
Robinson, William | 0001 | MTC-00029240
Robinson, William | 0001 | MTC-00026079
Robken, Barbara | 0002 | MTC-00032183
Robken, Barbara | 0002 | MTC-00032486
Robnett, Michael | 0003 | MTC-00026140
Robson, Gary | 0001 | MTC-00028433
Roby, Bill | 0001 | MTC-00004355
Roby, Clyde | 0002 | MTC-00030344
Roby, Ted | 0002 | MTC-00024941
Roca, Vincent | 0001 | MTC-00002014
Rocca, James | 0001 | MTC-00029972
Roccasecca. Eric | 0001 | MTC-00002255
Rocco, Caffarella | 0002 | MTC-00026778
Rocco, Mary | 0001 | MTC-00027833
Rocha, Colleen | 0001 | MTC-00021430
Roche, Frank | 0001 | MTC-00024834
Rocheleav, Bruce | 0001 | MTC-00011706
Rochester, Joshua | 0001 | MTC-00019344
Rocheville, Jon and Julie | 0001 | MTC-00028467
Rochniack, Eileen | 0001 | MTC-00020561
Rock, Joseph | 0002 | MTC-00001478
Rock, Joseph | 0001 | MTC-00016704
Rockas | 0001 | MTC-00007024
Rockefeller, C. A. | 0001 | MTC-00009030
Rockers, Robert | 0001 | MTC-00002640
Rockett, Pat | 0001 | MTC-00010580
rockett@ dallas.net | 0001 | MTC-00011421
Rockwell, Doyle | 0001 | MTC-00013086
Rockwell, Helen | 0002 | MTC-00013458
Rockwell, Lucas | 0001 | MTC-00029152
Rockwell, Scott | 0001 | MTC-00021899
Rockwell, Tom | 0002 | MTC-00015525
Rocky859@ aol.com | 0001 | MTC-00011519
Rocus, Michael E. | 0001 | MTC-00001556
Rod, Rod | 0001 | MTC-00020656
Roddis, Linda | 0001 | MTC-00008085
Roden, Robert K. | 0001 | MTC-00005734
Roderick, Brian | 0001 | MTC-00017762
Roderick, Regis | 0001 | MTC-00006119
Rodgers, Bill | 0001 | MTC-00023877
Rodgers, Bill | 0001 | MTC-00033378
Rodgers, Howard | 0003 | MTC-00005025
Rodgers, Howard S. | 0001 | MTC-00010978
Rodgers, Jack | 0001 | MTC-00026959
Rodgers, James | 0001 | MTC-00032683
Rodgers, Jim | 0001 | MTC-00017966
Rodgers, Jim | 0001 | MTC-00017894
Rodgers, Larry | 0001 | MTC-00014092
Rodgers, Mike | 0001 | MTC-00026654
Rodgers, Robert | 0001 | MTC-00008454
Rodkey, Ralph | 0001 | MTC-00017392
Rodman, Brett | 0006 | MTC-00003510
Rodman, Brett | 0009 | MTC-00004245
Rodman, Rick | 0001 | MTC-00002402
Rodman, Tom | 0005 | MTC-00014119
Rodney, Daniel | 0001 | MTC-00019839
Rodosovich, Daynna | 0001 | MTC-00023115
Rodrigues, Mario | 0003 | MTC-00029547
Rodriguez, Alfredo | 0001 | MTC-00011349
Rodriguez, Jason | 0001 | MTC-00008436
Rodriguez, Jason | 0001 | MTC-00013585
Rodriguez, John | 0001 | MTC-00025536
Rodriguez, Jose | 0001 | MTC-00018531
Rodriguez, Juan | 0001 | MTC-00025504
Rodriguez, Kathryn | 0001 | MTC-00012334
Rodriguez, Pete | 0001 | MTC-00006729
Rodriguez, Renee | 0001 | MTC-00021627
Rodriguez, Rudy | 0001 | MTC-00014181
Rodriquez, Eric | 0001 | MTC-00008906
Roe, Matthew | 0001 | MTC-00002058
Roebuck, Paul | 0001 | MTC-00033263
Roeckel, Alfred | 0001 | MTC-00024880
Roedder, Spencer | 0001 | MTC-00017081
Roeder, Edward (CCIA) | 0051 | MTC-00030611
Roeding, Richard | 0001 | MTC-00031701
Roeffen, Hans | 0001 | MTC-00003129
Roehrig, Rick | 0001 | MTC-00026313
Roel, Jonas | 0001 | MTC-00002380
Roel, Jonas | 0001 | MTC-00024335
Roelof't Hoott | 0001 | MTC-00026287
Roerich, Ryan | 0001 | MTC-00015505
Roese, Rick | 0003 | MTC-00013452
Roesel, Albert | 0002 | MTC-00029836
Rogala, David | 0001 | MTC-00002841
Rogala, J. | 0001 | MTC-00020914
Roge, Deborah | 0001 | MTC-00027945
Roger | 0001 | MTC-00003387
Rogers, Amy | 0002 | MTC-00025255
Rogers, Bernard | 0001 | MTC-00028049
Rogers, Bertram | 0001 | MTC-00029338
Rogers, Catherine | 0001 | MTC-00028053
Rogers, Clyde | 0001 | MTC-00013617
Rogers, David | 0001 | MTC-00013008
Rogers, David A. | 0001 | MTC-00017988
Rogers, Diana | 0001 | MTC-00005053
Rogers, Diana | 0001 | MTC-00029519
Rogers, Doanna | 0001 | MTC-00028043
Rogers, Don | 0001 | MTC-00017174
Rogers, Don | 0001 | MTC-00000090
Rogers, Doyle | 0001 | MTC-00027283
Rogers, Haden | 0001 | MTC-00026631
Rogers, James | 0001 | MTC-00000924
Rogers, Jean | 0001 | MTC-00013730
Rogers, Jerry L. | 0001 | MTC-00019106
Rogers, Judd | 0001 | MTC-00015355
Rogers, Lee J. | 0001 | MTC-00014209
Rogers, Linda | 0001 | MTC-00028827
Rogers, Madoline | 0001 | MTC-00032652
Rogers, Marilyn | 0001 | MTC-00021610
Rogers, Mary | 0001 | MTC-00032839
Rogers, Ray | 0001 | MTC-00010905
Rogers, Ray and Doris | 0001 | MTC-00023119
Rogers, Regena C. | 0001 | MTC-00012661
Rogers, Russ | 0001 | MTC-00011960
Rogers, Stephen R. | 0001 | MTC-00024220
Rogers, Valerie | 0001 | MTC-00029326
Rogers, Valerie | 0001 | MTC-00008330
Rogers, Vincent | 0001 | MTC-00022387
Rogoff, Myrna | 0001 | MTC-00028509
Rogovin, Bruce | 0001 | MTC-00008191
Rogovin, Bruce | 0001 | MTC-00001751
Rogovin, Bruce | 0001 | MTC-00026559
Rogovin, Bruce | 0001 | MTC-00001177
Rogowski, Bryan | 0001 | MTC-00028640
Rogowski, Sharon | 0001 | MTC-00013881
rogowski@ pacifier.com | 0001 | MTC-00028193
rogowski@ pacifier.com | 0001 | MTC-00028593
Roh, Don | 0001 | MTC-00003231
Roh, Robert A. | 0001 | MTC-00001928
Rohde, Bernard | 0001 | MTC-00006178
Rohla, Albert | 0001 | MTC-00024207
Rohr, Dan | 0002 | MTC-00008880
Rohrbaugh, William | 0002 | MTC-00033173
Rohrer, Douglas | 0001 | MTC-00015215
Rohrer, Eugene | 0001 | MTC-00022883
Rohrer, Stephen | 0001 | MTC-00003336
Rohrs, Marvin | 0002 | MTC-00000109
Roisen-Case, Deborah | 0001 | MTC-00020608
Roitt, Dennis | 0001 | MTC-00020798
ROJJI@ aol.com | 0001 | MTC-00006344
Roland, Bill | 0001 | MTC-00005534
Roland, Bockhorst | 0002 | MTC-00019701
Roland, Michael H. | 0001 | MTC-00023283
Rolbvink, James | 0002 | MTC-00001352
Rolen, James | 0001 | MTC-00032834
Rolfe, Andrew | 0001 | MTC-00029227
rolfglerum@ msn.com | 0001 | MTC-00028156
Rolison, Frederick | 0001 | MTC-00030762
Roll, John | 0001 | MTC-00015461
Rolland, Lonnie | 0001 | MTC-00004582
Rollans, Al | 0001 | MTC-00012949
Rollin, Gail | 0002 | MTC-00033275
Rolling, Benn | 0001 | MTC-00016967
Rollo, Dan | 0001 | MTC-00010940
Rollyson, Ray | 0001 | MTC-00031775
Roloff, Dan | 0001 | MTC-00008939
Roman, Alan | 0001 | MTC-00026442
Roman, Michael | 0001 | MTC-00022359
Romano, Carolq | 0001 | MTC-00023117
Romano, Joe | 0001 | MTC-00005856
Romanovicz, Dwight | 0001 | MTC-00000816
Romer, Edward | 0001 | MTC-00001078
Romer, Evan | 0001 | MTC-00022963
Romer, Johnny | 0001 | MTC-00022791
Romeril, Andy | 0001 | MTC-00004133
Romero, Louis | 0001 | MTC-00003267
Romero, Rick | 0002 | MTC-00017206
Rommel, Florian | 0001 | MTC-00020190
Rommey, Steven | 0001 | MTC-00020792
Romo, Arne | 0001 | MTC-00017414
Rompa, Christine | 0001 | MTC-00030142
Ron | 0001 | MTC-00000781
Ron | 0001 | MTC-00005716
Ron | 0001 | MTC-00010106
Ron, Ron | 0001 | MTC-00021200
ron1613@ aol.com | 0001 | MTC-00011414
Ronayne, Michael | 0003 | MTC-00025861
Roncadori, Mike | 0001 | MTC-00022071
Rondeau, Sharon | 0001 | MTC-00028791
Rone, Allison | 0001 | MTC-00008915
Rone, Fred | 0001 | MTC-00028559
Roni, Joseph | 0001 | MTC-00009123
Roni, Joseph and Virginia | 0001 | MTC-00024715
Ronne, Jeff | 0001 | MTC-00006097
Rons | 0001 | MTC-00002770
Ronsen, Steven | 0001 | MTC-00004610
ronsp@ gte.net | 0001 | MTC-00010362
Rood, Robert J. | 0001 | MTC-00009292
Rood, Virginia | 0001 | MTC-00007225
Roop, John | 0001 | MTC-00029691
Roop, John | 0002 | MTC-00033586
Roos, Linda | 0001 | MTC-00013872
Roost, Logan | 0001 | MTC-00018814
Root | 0001 | MTC-00018932
root | 0001 | MTC-00025758
Root, Constance | 0002 | MTC-00032140
Root, Constance | 0002 | MTC-00033444
Root, James W. | 0001 | MTC-00012698
root@ copland.udel.edu | 0001 | MTC-00019040
root@ mets.tcimet.net | 0001 | MTC-00002628
root@ solarflow.dyadus.org | 0001 | MTC-00023561
root@ usdoj.gov | 0001 | MTC-00001595
root@ ut6.usdoj.gov | 0001 | MTC-00019283
root@ wt4.usdoj.gov | 0002 | MTC-00000209
root@ wt6.usdoj.gov | 0002 | MTC-00000673
root@ wt6.usdoj.gov | 0002 | MTC-00000252
root@ wt6.usdoj.gov | 0002 | MTC-00000290
root@ wt6.usdoj.gov | 0002 | MTC-00002095
root@ wt6.usdoj.gov | 0002 | MTC-00001577
root@ wt6.usdoj.gov | 0002 | MTC-00002191
root@ wt6.usdoj.gov | 0001 | MTC-00009661
root@ wt6.usdoj.gov | 0002 | MTC-00000292
root@ wt6.usdoj.gov | 0002 | MTC-00000301
root@ wt6.usdoj.gov | 0002 | MTC-00000669
root@ wt6.usdoj.gov | 0002 | MTC-00001125
root@ wt6.usdoj.gov | 0002 | MTC-00001791
root@ wt6.usdoj.gov | 0002 | MTC-00002038
root@ wt6.usdoj.gov | 0002 | MTC-00002499
root@ wt6.usdoj.gov | 0002 | MTC-00002523
root@ wt6.usdoj.gov | 0002 | MTC-00002671
root@ wt6.usdoj.gov | 0002 | MTC-00002732
root@ wt6.usdoj.gov | 0002 | MTC-00004479
root@ wt6.usdoj.gov | 0002 | MTC-00004530
root@ wt6.usdoj.gov | 0002 | MTC-00004581
root@ wt6.usdoj.gov | 0002 | MTC-00004710
root@ wt6.usdoj.gov | 0003 | MTC-00001067
Root@ wtb.usdoj.gov | 0001 | MTC-00000127
root@ wtg.usdoj.gov | 0003 | MTC-00025815
Root@ wth.ysdoj.gov | 0002 | MTC-00000221
Rooth, Craig J. | 0001 | MTC-00000635
Roper, David | 0001 | MTC-00022586
Roper, Paul | 0001 | MTC-00023691
Rosario, David | 0002 | MTC-00004943
Rosas, Reinaldo | 0002 | MTC-00030907
Roscoe, Jim | 0001 | MTC-00020902
Roscoe, Neal | 0001 | MTC-00019667
Rose, Daniel | 0002 | MTC-00025068
Rose, Dave | 0001 | MTC-00008338
Rose, Dave | 0001 | MTC-00022430
Rose, David | 0001 | MTC-00029278
Rose, Earl | 0001 | MTC-00023060
Rose, Glenn | 0001 | MTC-00021459
Rose, Greg | 0001 | MTC-00002614
Rose, Jacob | 0002 | MTC-00016006
Rose, Jim | 0001 | MTC-00023625
Rose, Price | 0001 | MTC-00010136
Rose, S. David | 0002 | MTC-00028431
Rose, Sean | 0002 | MTC-00024355
Roseberry, Bryan | 0002 | MTC-00000942
Roseborough, Clifford | 0001 | MTC-00031142
Rosen, Andy | 0002 | MTC-00024494
Rosen, Gary | 0002 | MTC-00011902
Rosen, Myor | 0001 | MTC-00030660
Rosen, Phillip | 0001 | MTC-00019296
Rosenbach, Carole | 0001 | MTC-00029088
Rosenberg, Bruce L. | 0004 | MTC-00032602
Rosenberg, Gerald | 0001 | MTC-00009550
Rosenberg, Gerald | 0001 | MTC-00030919
Rosenberg, Haskell | 0002 | MTC-00030535
Rosenberg, Joe | 0001 | MTC-00001748
Rosenberg, Matt | 0001 | MTC-00018818
Rosenberg, Scott | 0004 | MTC-00013804
Rosenberger, CA | 0002 | MTC-00033298
Rosenblatt, Demian | 0002 | MTC-00020472
Rosenblum, Larry | 0001 | MTC-00026616
Rosenburg, Richard | 0001 | MTC-00005319
Rosendale, Dan | 0001 | MTC-00001651
Rosengart, Ben | 0001 | MTC-00003900
Rosengarten, John | 0004 | MTC-00008770
Rosengren, Pamela | 0001 | MTC-00026635
Rosenkoetten, Kent | 0002 | MTC-00033548
RosenKoetter, Kent | 0002 | MTC-00027466
Rosenkraenzer, Bernhard | 0002 | MTC-00015361
Rosenstein, Nicholas | 0001 | MTC-00031244
Rosenstein, Nick | 0002 | MTC-00011540
Rosenthal, Dan | 0001 | MTC-00027787
Rosenthal, David | 0001 | MTC-00027110
Rosenthal, Harlan | 0002 | MTC-00015649
Rosenthal, Joe | 0001 | MTC-00006139
Rosenthal, Joseph | 0002 | MTC-00030795
Rosenthal, Neil | 0001 | MTC-00022271
Rosing, Matthew | 0001 | MTC-00010614
rositze@ zianet. com | 0001 | MTC-00011129
Roskam, Rock | 0001 | MTC-00004493
rosken9306@ aol.com | 0001 | MTC-00017318
rosken9306@ aol.com | 0001 | MTC-00017315
Rosner, Eric | 0001 | MTC-00013561
Rosoff, Gil | 0001 | MTC-00012825
Rosquist, Joakim | 0001 | MTC-00015099
Ross, A. C. | 0002 | MTC-00029525
Ross, Aaron | 0004 | MTC-00015730
Ross, Adam | 0001 | MTC-00020423
Ross, Anthony | 0001 | MTC-00019544
Ross, Ben | 0001 | MTC-00000007
Ross, Blake | 0001 | MTC-00014740
Ross, Carl | 0001 | MTC-00022545
Ross, Claude | 0002 | MTC-00032997
Ross, Douglas | 0002 | MTC-00026317
Ross, Elaine | 0001 | MTC-00030803
Ross, Eric | 0001 | MTC-00028642
Ross, Howard | 0001 | MTC-00022897
Ross, Howard A | 0001 | MTC-00012483
Ross, Hugh | 0001 | MTC-00000037
Ross, Jane | 0001 | MTC-00008366
Ross, Jason | 0001 | MTC-00025399
Ross, Jean | 0001 | MTC-00030225
Ross, Joyce | 0001 | MTC-00008106
Ross, Ken | 0002 | MTC-00021099
Ross, L.H. | 0001 | MTC-00009321
Ross, Larry | 0002 | MTC-00026413
Ross, Margaret | 0001 | MTC-00023534
Ross, Mariah K. | 0001 | MTC-00020082
Ross, Mark | 0001 | MTC-00015473
Ross, Matt | 0001 | MTC-00019063
Ross, matthew R. | 0001 | MTC-00024356
Ross, Milton | 0004 | MTC-00027254
Ross, patricia | 0001 | MTC-00029213
Ross, Patricia W. | 0001 | MTC-00007564
Ross, Phillip | 0002 | MTC-00001927
Ross, Ray | 0001 | MTC-00024570
Ross, Richard | 0001 | MTC-00009758
Ross, Richard | 0001 | MTC-00030966
Ross, Seth | 0001 | MTC-00031021
Ross, Shirley | 0001 | MTC-00011791
Ross, Steve | 0001 | MTC-00005454
Ross, Thomas | 0001 | MTC-00019823
Ross, Tom | 0001 | MTC-00015727
Ross, Travis | 0001 | MTC-00019602
Ross, William | 0001 | MTC-00007013
Rossa, Thomas J. | 0003 | MTC-00030391
Rossell, Donald | 0002 | MTC-00033347
Rossetti, John | 0001 | MTC-00007542
Rossetto, Claudio | 0001 | MTC-00013742
Rossi, Adam | 0001 | MTC-00021508
Rossi, Adrian | 0002 | MTC-00013143
Rossi, Louis | 0001 | MTC-00018037
Rossi, William | 0001 | MTC-00028398
rossmein@ yahoo.com | 0001 | MTC-00021953
Rost, Gary | 0002 | MTC-00004390
Rostus, stan | 0001 | MTC-00014385
Rotblat, Cindy | 0001 | MTC-00007465
Rotella, Chris | 0001 | MTC-00027017
Roth, Ben | 0002 | MTC-00033590
Roth, Dana L. | 0001 | MTC-00014018
Roth, David | 0001 | MTC-00005036
Roth, David | 0001 | MTC-00028517
Roth, Howard | 0001 | MTC-00018678
Roth, J. | 0001 | MTC-00008618
Roth, John | 0002 | MTC-00028671
Roth, John | 0001 | MTC-00025533
Roth, Joseph | 0001 | MTC-00019355
Roth, Josi | 0001 | MTC-00016390
Roth, Laurence | 0001 | MTC-00022691
Roth, Rob | 0001 | MTC-00003465
Roth, Tom | 0002 | MTC-00030209
Rothberg, Michael | 0001 | MTC-00006766
Rothberg, Sherman | 0001 | MTC-00026296
Rothchild, O.F. Dr. | 0001 | MTC-00009630
Rothe, John | 0001 | MTC-00017605
Rothe, Rose | 0001 | MTC-00007648
Rothe, Rose | 0001 | MTC-00022446
Rothe, Rose and Dietmar | 0001 | MTC-00022447
Rothera, Charles | 0001 | MTC-00007175
Rothera, Charles | 0001 | MTC-00007179
Rothert, Doug | 0002 | MTC-00027427
Rothman, Greg | 0001 | MTC-00031650
Rothman, Lily | 0001 | MTC-00022413
Rothstein, Ann | 0001 | MTC-00030556
Rothwell, Michael | 0001 | MTC-00019868
Rotruck, Allen R. | 0001 | MTC-00007250
rotruck@ electronicpartsco.com | 0001 | MTC-00010394
Rotstan, Neil | 0002 | MTC-00017441
Rott, Carl | 0001 | MTC-00014138
Rott, Carl | 0001 | MTC-00025595
Rott, Donna | 0001 | MTC-00014136
Rott, Donna | 0001 | MTC-00025593
Rotter, Randy | 0001 | MTC-00027887
Rottet, Kevin J. | 0001 | MTC-00025866
ROttinghuis, Jan-Erik | 0001 | MTC-00011477
Roubik, Walter | 0001 | MTC-00014050
Roubik, Walter | 0001 | MTC-00010241
Roughganden, Andrew | 0001 | MTC-00003846
Rouleau, Joseph S. | 0002 | MTC-00004137
Roulier, Brent L. | 0001 | MTC-00010568
Roulland, Richard | 0001 | MTC-00033508
roulnels@ hotmail.com | 0001 | MTC-00028083
Roum, CJ | 0001 | MTC-00009761
Rounds, Denise | 0001 | MTC-00010616
Rounds, Eric | 0001 | MTC-00025588
Roundy, Antone | 0001 | MTC-00016443
Roundy, Gil | 0001 | MTC-00006238
Rourke, Mark | 0001 | MTC-00011820
Rourke, Mark | 0001 | MTC-00031690
Rourke, Mark | 0001 | MTC-00029246
Rourke, Mark | 0001 | MTC-00005832
Rourke, Pete | 0001 | MTC-00024854
Rouse, Edward | 0001 | MTC-00022051
Rouse, Forest | 0002 | MTC-00023293
Rouse, Frank | 0001 | MTC-00005922
Rouse, Frank | 0001 | MTC-00023698
Rouse, Jeff | 0001 | MTC-00005174
Rouse, Preston Alan | 0001 | MTC-00008791
Rouse, Ron | 0001 | MTC-00008758
Roush, Eric | 0001 | MTC-00025983
Roush, Gary | 0001 | MTC-00009304
Roush, John G. | 0001 | MTC-00023486
Rousseau, Diane | 0001 | MTC-00012460
Rousseau, Rick | 0001 | MTC-00025250
Roussel, Camille | 0001 | MTC-00019604
Rousso, Nora | 0001 | MTC-00023619
Rout, Allen | 0001 | MTC-00015223
Routhier, Paul | 0001 | MTC-00031155
Rovell, Steve | 0002 | MTC-00014627
Rovell, Steve | 0002 | MTC-00031698
Rovero, P. J. | 0003 | MTC-00002180
Roverts, Lee | 0001 | MTC-00007244
Rowan, Ken | 0001 | MTC-00020294
Rowden, Clifford E. | 0001 | MTC-00006330
Rowe, Carol | 0001 | MTC-00012197
Rowe, Charles | 0001 | MTC-00012248
Rowe, Douglas | 0001 | MTC-00016110
Rowe, Jack | 0001 | MTC-00008635
Rowe, Jerry | 0001 | MTC-00023805
Rowe, Ken | 0001 | MTC-00013364
Rowe, Peter | 0002 | MTC-00004139
Rowe, William N. | 0001 | MTC-00006391
Rowell, Sam | 0001 | MTC-00028048
Rowland, Cole | 0001 | MTC-00006590
Rowland, Herbert | 0001 | MTC-00024487
Rowland, Jrase | 0001 | MTC-00016196
Rowland, Mary | 0001 | MTC-00032031
Rowland, Matt | 0002 | MTC-00017186
Rowland, Shari | 0001 | MTC-00030264
Rowles, Stephen | 0001 | MTC-00020496
Rowlett, David | 0001 | MTC-00014741
Rowlett, Patti | 0002 | MTC-00014745
Rowley, Dianne | 0001 | MTC-00024104
Rowley, Michael | 0001 | MTC-00023096
Rowntree, Barry | 0001 | MTC-00017523
Rowzee, Patsy | 0001 | MTC-00012174
Rowzee, Patsy | 0001 | MTC-00020501
Roxton, Robb | 0001 | MTC-00001388
Roy | 0001 | MTC-00005186
Roy, Christian | 0001 | MTC-00024324
Roy, Cynthia | 0001 | MTC-00028373
Roy, George Jr. | 0001 | MTC-00012289
Roy, Greg | 0001 | MTC-00016597
Roy, Phillipe | 0001 | MTC-00001417
Roy, Roy | 0001 | MTC-00020840
Royalty, Dean | 0001 | MTC-00028759
Royalty, Philip | 0001 | MTC-00005433
Royalty, Philip | 0001 | MTC-00020995
Royalty, Reed L. | 0002 | MTC-00031647
Royce, Richard | 0001 | MTC-00014001
Roye, H. Edgar | 0001 | MTC-00025614
Royer, Steven | 0001 | MTC-00020563
royerfe@ juno.com | 0001 | MTC-00026671
Royo, John | 0001 | MTC-00025597
Roys, Cary | 0001 | MTC-00017071
Royse, Josiah | 0001 | MTC-00019030
Rozenberg, Don | 0001 | MTC-00012932
Rozenfeld, Timur | 0001 | MTC-00011416
Rozinsky, Dan | 0001 | MTC-00016414
ROZJER | 0001 | MTC-00006848
Rozmus, Mark J. | 0001 | MTC-00031444
rpbus@ xwnet.com | 0001 | MTC-00022009
rppvlp@ aol.com | 0001 | MTC-00008046
RRake91351@ aol.com | 0001 | MTC-00014325
rroland@ dol.net | 0001 | MTC-00028157
RRPG3@ msn.com | 0001 | MTC-00021941
rrshouse@ hotmail.com | 0001 | MTC-00010387
RSadler@ Tadv,com | 0001 | MTC-00024805
rsalexander@ satx.rr.com | 0001 | MTC-00015972
rsanville@ portolasystems.net | 0001 | MTC-00021350
rscully@ bellsouth.net | 0001 | MTC-00028074
rsd@ electronink.com | 0001 | MTC-00010343
rskakun@ yahoo.com | 0001 | MTC-00024287
rstern77@ aol.com | 0001 | MTC-00013157
rstunek@ forbeschocolate.com | 0001 | MTC-00014553
rtanner@ quannon.com | 0001 | MTC-00014570
RTP | 0001 | MTC-00032539
RTPaeschke@ aol.com | 0001 | MTC-00010058
rturnam@ mediaone.net | 0001 | MTC-00014554
Rubain, Sesil | 0001 | MTC-00030564
Rubenstein, Julie | 0001 | MTC-00004456
Rubenstein, Nicholas | 0001 | MTC-00018729
Rubenstein, Stan | 0001 | MTC-00026355
Rubenstone, Jeffrey | 0002 | MTC-00023468
Rubick, Jade | 0001 | MTC-00003246
Rubin, Herb | 0001 | MTC-00002851
Rubin, Kim | 0001 | MTC-00011006
Rubin, Phillip | 0001 | MTC-00005763
Rubin, Richard | 0001 | MTC-00009587
Rubin, Richard | 0002 | MTC-00030909
Rubino, Jim | 0001 | MTC-00005641
Rubisch, Dennis | 0002 | MTC-00031490
Rubrigh, David | 0001 | MTC-00001612
Rubschlager, Matthew | 0001 | MTC-00002736
Ruby, Gordon | 0001 | MTC-00028416
Rucker, Evelyn | 0001 | MTC-00031582
Rucker, Evelyn | 0001 | MTC-00031630
Rucker, Jim | 0001 | MTC-00016643
Rucker, Lovelace | 0001 | MTC-00007979
Rucker, Richard A. | 0001 | MTC-00001564
Ruckman, Kris | 0001 | MTC-00007954
Rudakevych, Paulo | 0001 | MTC-00016742
Rudd, Monte E. | 0001 | MTC-00007498
Rudden, Brian | 0001 | MTC-00017087
Ruddy, Bob | 0001 | MTC-00018672
Ruddy, Kevin | 0001 | MTC-00017358
Rude, Don J. | 0001 | MTC-00016094
Rude, Justin W. | 0001 | MTC-00018016
Rude, Robert M. and Le T. | 0001 | MTC-00033867
Rudeseal, Steve | 0001 | MTC-00004467
Rudesel, Steve and Shepherd, Justin | 0002 | MTC-00030643
Rudetsky, Gloria | 0001 | MTC-00007377
Rudmann, Darrell | 0002 | MTC-00019555
Rudolph, Gerald | 0001 | MTC-00015129
Rudolph, Neil J. | 0001 | MTC-00033850
rudzinsk@ innercite.com | 0001 | MTC-00010344
Rue, Walker | 0001 | MTC-00019886
Rue, Walter S. | 0001 | MTC-00002018
Ruebush, Mike | 0001 | MTC-00014004
Rueter, Ron and Sallie | 0001 | MTC-00014795
Ruff, Chad | 0001 | MTC-00030208
Ruff, Dave | 0001 | MTC-00022118
Ruffa, Gregory | 0001 | MTC-00006552
Ruffin, Robert | 0002 | MTC-00022355
Ruffing, Joan | 0001 | MTC-00005292
Rufus, Andrew | 0001 | MTC-00032795
Ruggiero, Chris | 0001 | MTC-00001445
Ruggles, Tracy S. | 0001 | MTC-00016437
Ruhf, Ted | 0001 | MTC-00013499
Ruiz-Olivears, Wilfredo | 0001 | MTC-00002446
Rukavina, Gregory | 0001 | MTC-00013756
Rule, Jim | 0001 | MTC-00015553
Rulenstein, Steven | 0003 | MTC-00011345
Rulison, Peter | 0001 | MTC-00010957
rumall@ earthlink.net | 0001 | MTC-00000331
Rumbaugh, David | 0001 | MTC-00021720
Ruminski, Gene | 0001 | MTC-00032837
Ruml, Kevin | 0002 | MTC-00018056
Rummell, Tim | 0001 | MTC-00005646
Rumpakis, John | 0001 | MTC-00005450
Rumpza, Bill | 0001 | MTC-00010561
Runbeck, Linda | 0003 | MTC-00018551
Rund, Rick | 0002 | MTC-00032520
Runger, Carol | 0001 | MTC-00024509
Running, Donald R. and MArgaret A> | 0002 | MTC-00010624
Runowski, Rick | 0002 | MTC-00023231
Runquist, Eric | 0001 | MTC-00000524
Runquist, Jay | 0001 | MTC-00012920
Runyan, Martin | 0001 | MTC-00007340
Runyan, Martin | 0001 | MTC-00024919
Rupe, Patricia | 0005 | MTC-00018637
Rupe, Paul | 0004 | MTC-00003446
Rupilius, David | 0001 | MTC-00019563
Rupp, Amy | 0001 | MTC-00004022
Rupp, Tracy | 0001 | MTC-00023363
Ruppell, Tanya | 0002 | MTC-00020123
Ruquecht, Mary | 0001 | MTC-00032055
Rush, Brad | 0001 | MTC-00006253
Rush, Brad | 0001 | MTC-00010295
Rush, David L. | 0002 | MTC-00031164
Rush, Dorothy | 0001 | MTC-00012224
Rush, George | 0001 | MTC-00012235
Rush, Roger | 0002 | MTC-00010280
Rushing, Mark | 0001 | MTC-00024000
Rushing, Roy and Faye | 0001 | MTC-00021191
Rushing, Stony | 0001 | MTC-00032566
Ruske, Dave | 0002 | MTC-00017481
Rusnocl, Jay | 0001 | MTC-00031971
Russ, Jo Ann | 0001 | MTC-00031452
Russ, Lynn | 0001 | MTC-00017228
russ@ quickchange.com | 0001 | MTC-00024286
Russel, Frank Ross | 0001 | MTC-00007557
Russel, Tom | 0001 | MTC-00005028
Russell, Andrew | 0001 | MTC-00024635
Russell, Bob | 0001 | MTC-00010438
Russell, Canyon | 0001 | MTC-00015433
Russell, Charles | 0001 | MTC-00031811
Russell, Christian | 0001 | MTC-00021677
Russell, Chuck | 0001 | MTC-00008480
Russell, Donald | 0002 | MTC-00033630
Russell, Donald | 0002 | MTC-00033631
Russell, Douglas McCabe | 0001 | MTC-00029663
Russell, Ed | 0002 | MTC-00030910
Russell, Eric | 0001 | MTC-00012978
Russell, Harry | 0001 | MTC-00020802
Russell, Jack | 0001 | MTC-00012189
Russell, James | 0001 | MTC-00026468
Russell, James M. | 0001 | MTC-00001036
Russell, John | 0001 | MTC-00021144
Russell, John | 0002 | MTC-00019865
Russell, John | 0002 | MTC-00029149
Russell, Lois | 0001 | MTC-00027190
Russell, Lucian | 0001 | MTC-00007408
Russell, Malcolm | 0001 | MTC-00033010
Russell, Marcus | 0001 | MTC-00010703
Russell, Marilynn | 0001 | MTC-00022818
Russell, Marilynn M. | 0001 | MTC-00032623
RUssell, Matt | 0001 | MTC-00019002
Russell, Pat | 0001 | MTC-00027021
Russell, Patricia | 0002 | MTC-00030125
Russell, Phil | 0002 | MTC-00001286
Russell, Phil | 0002 | MTC-00024659
Russell, Rick | 0002 | MTC-00013551
Russell, Scott | 0002 | MTC-00015486
Russell, Scott | 0001 | MTC-00000326
Russell, Sean | 0001 | MTC-00018461
Russell, Seth A. | 0001 | MTC-00020044
Russo, Ben | 0001 | MTC-00018693
Russo, Chris | 0001 | MTC-00003036
Russo, Frank | 0001 | MTC-00032737
Russo, Patricia | 0002 | MTC-00033424
Russo, Patricia | 0002 | MTC-00033425
Russo, Peter Jr. | 0002 | MTC-00033423
Russo, Peter Sr. | 0002 | MTC-00033422
Russo, Steve | 0001 | MTC-00004701
Russo, Steve | 0001 | MTC-00017615
Rust, Jon | 0001 | MTC-00018107
Rust, Ted | 0002 | MTC-00001301
Rust, Ted | 0001 | MTC-00001463
Rust, Ted | 0001 | MTC-00013497
Rust, Thomas Davis | 0002 | MTC-00031462
Rustin, Dameon | 0001 | MTC-00029707
rustynail@ hci.net | 0001 | MTC-00028125
Ruszczyk, Kenneth | 0001 | MTC-00011500
Ruter, Kate | 0001 | MTC-00010674
Ruterman, Ernest | 0001 | MTC-00005158
Rutherford, Andrew | 0001 | MTC-00000884
Rutherford, Andrew | 0001 | MTC-00022307
Rutherford, Rick | 0002 | MTC-00002418
Rutherford, Ron | 0001 | MTC-00004411
Rutherford, Ronald | 0001 | MTC-00013379
Rutherford, Ronald | 0001 | MTC-00001461
Ruthven, Thomas | 0001 | MTC-00031709
ruthwright@ aol.com | 0001 | MTC-00021962
Rutland, Sharon | 0001 | MTC-00029361
Rutledge, Len | 0001 | MTC-00008942
Rutledge, Warren L. | 0002 | MTC-00000720
Rutte, James | 0002 | MTC-00032188
Rutter, John | 0001 | MTC-00007132
Rutter, Lindsay | 0001 | MTC-00013721
Rutter, Mike | 0001 | MTC-00022567
rwa@ winterassoc.com | 0001 | MTC-00024233
rword | 0001 | MTC-00021385
Rwy2400@ aol.com | 0001 | MTC-00013279
Ryan | 0001 | MTC-00018633
Ryan | 0001 | MTC-00013043
Ryan, Anne | 0001 | MTC-00020639
Ryan, Bruce H. | 0001 | MTC-00031804
Ryan, Ellen | 0001 | MTC-00027832
Ryan, Jim | 0001 | MTC-00008161
Ryan, John | 0001 | MTC-00031299
Ryan, Karen and Timothy | 0001 | MTC-00013089
Ryan, Keith | 0002 | MTC-00024030
Ryan, Kevin | 0001 | MTC-00014564
Ryan, Kevin | 0001 | MTC-00017272
Ryan, Linda | 0001 | MTC-00020611
Ryan, Marcus | 0002 | MTC-00016496
Ryan, Marjorie | 0002 | MTC-00033500
Ryan, Matt | 0001 | MTC-00008253
Ryan, Mike | 0001 | MTC-00025721
Ryan, Randy | 0001 | MTC-00004602
Ryan, Rich | 0002 | MTC-00031802
Ryan, Sean | 0001 | MTC-00028734
Ryan, Stacy | 0001 | MTC-00020852
Ryan, Sue | 0001 | MTC-00009715
Ryan, Thor | 0001 | MTC-00019153
Ryan, Tom | 0001 | MTC-00031456
Rybarczykt@ aol.com | 0001 | MTC-00006741
Rybarski, Michael | 0001 | MTC-00018399
Rybinski, John | 0001 | MTC-00030226
Ryczek, Stephen | 0001 | MTC-00033011
Rydberg, Gordie Barbara | 0001 | MTC-00028831
Rydell, Paul | 0001 | MTC-00015734
Ryder, Dan | 0002 | MTC-00002008
Ryder, James T. | 0001 | MTC-00010994
Ryder, Roger | 0001 | MTC-00032721
Ryder385@ aol.com | 0001 | MTC-00009265
Ryken, Gina | 0001 | MTC-00026918
Ryland, Ray | 0001 | MTC-00029094
Rylander, Sandy | 0002 | MTC-00025441
Rymes, Tom | 0001 | MTC-00015663
Ryndyk, Myroslaw | 0002 | MTC-00024961
Ryness, Bryce | 0001 | MTC-00013284
Ryness, Gar | 0001 | MTC-00024216
Ryness, Rebecca | 0001 | MTC-00027133
Rysdam, David | 0001 | MTC-00017471
Ryshpan, Jonathan | 0001 | MTC-00002512
Ryszka, Martin | 0002 | MTC-00033635
Rytell, Frank | 0001 | MTC-00020233
Rytting, Chad | 0002 | MTC-00015381
s(038)s | 0001 | MTC-00009416
S, Carole | 0001 | MTC-00020775
s-com | 0001 | MTC-00010054
Saar, Nancy J. | 0001 | MTC-00033846
Saari, Matthew | 0001 | MTC-00026327
Saari, Theodore | 0002 | MTC-00009743
Saba, Maher | 0001 | MTC-00009287
Saba, Maher | 0001 | MTC-00021922
Sabarin, Greg | 0001 | MTC-00014611
Sabbadini, Tony | 0001 | MTC-00007165
Sabbadini, Tony | 0001 | MTC-00022442
Sabean, Peter | 0001 | MTC-00006392
Saboe, Jon | 0001 | MTC-00020261
Sabol, Susan | 0001 | MTC-00012293
Sabrin, Joe | 0001 | MTC-00031009
Sabrin, Joe | 0002 | MTC-00030661
Sabrin, Joseph | 0001 | MTC-00005592
Sacco, A. J. | 0002 | MTC-00023722
Sacco, Michael | 0001 | MTC-00002645
Sachen, Richard | 0001 | MTC-00015745
Sachs,Matthew | 0001 | MTC-00014907
Sachsenmaier, Genne | 0001 | MTC-00031148
Sachtjen, Robert | 0001 | MTC-00006082
Sackfamily@ aol.com | 0001 | MTC-00006643
Sackley, Ed | 0001 | MTC-00005165
Sackman, Don | 0001 | MTC-00006305
Sackman, Ron | 0001 | MTC-00029505
Saddig, Tareg | 0001 | MTC-00008690
Sadin, Bobby | 0001 | MTC-00009094
Sadler, Brian | 0001 | MTC-00000583
Sadler, Joel C. | 0002 | MTC-00017248
Sadler, Ron | 0001 | MTC-00008438
Sadlo, Frank | 0001 | MTC-00023611
Saeda, Thomas | 0001 | MTC-00028495
Saelak, David | 0001 | MTC-00026344
Saenz, David | 0001 | MTC-00021925
Saffer, Daniel | 0001 | MTC-00030996
Safina, Anthony X. | 0003 | MTC-00005157
Safir, Ann | 0001 | MTC-00002068
Sage, William L. | 0001 | MTC-00031991
Sager, John | 0001 | MTC-00019821
Saggio, Nancy | 0001 | MTC-00012666
Sagheman, David | 0001 | MTC-00011576
Sago, Aaron | 0001 | MTC-00021866
Sagstetter, Philip W. | 0001 | MTC-00004112
Sahakian, Curt | 0001 | MTC-00009208
Sahakian, Curt | 0004 | MTC-00017204
Sahr, Matthew | 0001 | MTC-00017017
Sahul, Zakir | 0001 | MTC-00018732
Said, David | 0001 | MTC-00012376
Saider, Gordon | 0001 | MTC-00027100
Sailers, John S. | 0001 | MTC-00020072
Sailor, Stephanie Jayne | 0001 | MTC-00028751
Saine, Beth | 0001 | MTC-00029658
Saine, Jason | 0001 | MTC-00033695
Sainio, Walter | 0002 | MTC-00033304
Saint, James | 0001 | MTC-00021491
Saipetch, Ed | 0002 | MTC-00015909
Saishanker | 0001 | MTC-00021765
Saist | 0001 | MTC-00020062
sak2131@ aol.com | 0001 | MTC-00017320
Sakolosky, Chris | 0002 | MTC-00032311
Sakowski, Aaron | 0001 | MTC-00016119
sal@ metronet.lib.mi.us | 0001 | MTC-00014539
Salaja, Mary | 0001 | MTC-00010320
Salamon, Andrew | 0002 | MTC-00026409
Salamon, Gregory | 0001 | MTC-00020660
Salani, Steve | 0001 | MTC-00014265
Salani, Steve | 0002 | MTC-00002165
Salazar, Byron | 0001 | MTC-00001367
Salber, Charles | 0001 | MTC-00011063
Salehi, Cyrus | 0001 | MTC-00026575
Salem, George | 0003 | MTC-00019816
Salem, Krimo | 0001 | MTC-00021717
Salem, Lou | 0001 | MTC-00006159
Sales, Juan P. | 0001 | MTC-00000712
Salfen, Mac | 0001 | MTC-00012063
Salgado, Katreena | 0001 | MTC-00030018
Saliba, Robert G. | 0001 | MTC-00007918
Salim, Hashim | 0001 | MTC-00007574
Salinas, David | 0002 | MTC-00014023
Salinas, Govino | 0001 | MTC-00015763
Salis, Howard | 0001 | MTC-00003580
Salisbury, George | 0001 | MTC-00010652
Salisbury, Mark | 0001 | MTC-00015232
Sall, David L. | 0001 | MTC-00022550
Sallman, Mike | 0001 | MTC-00027634
Salman, Harry | 0001 | MTC-00014613
Salmon, James | 0001 | MTC-00027763
Salmon, Jeremy | 0001 | MTC-00022320
Salmon, Wesley | 0001 | MTC-00012833
Salnick, R. W. | 0001 | MTC-00015936
Salsman, James | 0003 | MTC-00018641
Salsman, Richard M. | 0001 | MTC-00009153
Salter, Adam Quddus | 0001 | MTC-00023037
Salter, WIllard E. | 0001 | MTC-00030170
Salto30@ hotmail.com | 0001 | MTC-00011144
Saltus, Harold G. | 0001 | MTC-00013807
Salunek, Betsy | 0001 | MTC-00020762
Salus, Peter H. | 0001 | MTC-00010276
Salvo, Rick | 0001 | MTC-00007661
Salwen, Harvey I. | 0002 | MTC-00009810
Salwen, Harvey I. | 0001 | MTC-00007217
Salz, Rich | 0001 | MTC-00017100
Salzberg, Steven | 0001 | MTC-00026988
Salzman, Rob | 0001 | MTC-00018739
Sam | 0001 | MTC-00021363
Samahon, Roman | 0001 | MTC-00001536
Saman, Kedar | 0001 | MTC-00003583
Samec, Monica | 0004 | MTC-00004381
Samman, Michael | 0001 | MTC-00003310
Sammartino, Lee | 0001 | MTC-00018595
Sammons, Bob | 0001 | MTC-00007865
Sammons, Nate | 0001 | MTC-00018295
Samolik, Matt | 0001 | MTC-00015550
Samolitis, John S. | 0001 | MTC-00010550
Sampat, Pragnesh | 0002 | MTC-00000913
Sample, Michael | 0001 | MTC-00006357
Sampson, Fred | 0001 | MTC-00022285
Sampson, Howard | 0002 | MTC-00033116
Sampson, Mike | 0001 | MTC-00029985
Sams, Judy | 0002 | MTC-00010488
Samsa, Jason | 0001 | MTC-00016636
Samsing, James T. | 0002 | MTC-00025610
SamTharp@ aol.com | 0001 | MTC-00010979
Samuel, Shimone | 0001 | MTC-00018180
Samuels, David | 0001 | MTC-00023249
Samuelson II, Colin | 0001 | MTC-00005757
San Filippo, Scott | 0001 | MTC-00023261
Sanasdy, Cornell | 0001 | MTC-00032413
Sanaswat, Amant K. | 0002 | MTC-00026842
Sanben240@ aol.com | 0001 | MTC-00011439
Sanborn, A. | 0001 | MTC-00030389
Sanborn, Barbara | 0001 | MTC-00005230
Sanborn, Bob | 0001 | MTC-00011596
Sanchez, Margaret | 0001 | MTC-00026123
Sanchez, Pedro | 0001 | MTC-00026437
Sanchez, Rick | 0001 | MTC-00001892
Sandberg, Karen R. | 0001 | MTC-00006084
Sandberg, Martin | 0001 | MTC-00001487
Sandberg, Stephen | 0001 | MTC-00021503
Sandel, Charles | 0001 | MTC-00021137
Sanders, Barbara | 0001 | MTC-00029350
Sanders, Barbara | 0001 | MTC-00033622
Sanders, Carl | 0001 | MTC-00007724
Sanders, David | 0001 | MTC-00007166
Sanders, Geoffrey | 0001 | MTC-00017359
Sanders, Geoffrey | 0001 | MTC-00000488
Sanders, Marie | 0001 | MTC-00032640
Sanders, Peter | 0001 | MTC-00026965
Sanders, Preston | 0001 | MTC-00025958
Sanders, R.W. | 0001 | MTC-00019946
Sanders, Richard Dianna | 0001 | MTC-00023765
Sanders, Richard H. | 0001 | MTC-00028876
Sanders, Robert | 0001 | MTC-00022420
Sanders, Robert | 0001 | MTC-00019630
Sanderson, J. W. | 0001 | MTC-00006494
Sandford, Michael | 0001 | MTC-00015470
Sandgathe, Sharon | 0001 | MTC-00021184
Sandholm, Tom | 0002 | MTC-00014003
Sandirford, Phillip | 0001 | MTC-00004393
Sandler, Ilya | 0009 | MTC-00025738
Sandova, Joseph A. | 0001 | MTC-00026738
Sandrock, Mark | 0001 | MTC-00002342
Sands, Carolyn | 0001 | MTC-00026809
Sands, Jerry | 0001 | MTC-00020630
Sandsmark, James and Ivy | 0001 | MTC-00012715
Sandusky, Bill | 0001 | MTC-00003209
Sandusky, John | 0001 | MTC-00030861
Sandven, Steven D. | 0001 | MTC-00029906
Sandy | 0001 | MTC-00027479
Sanford, Byrne | 0001 | MTC-00008202
Sanford, David | 0002 | MTC-00018806
Sanford, Dorothy | 0001 | MTC-00026944
Sanford, Gary | 0001 | MTC-00007751
Sanford, James | 0001 | MTC-00016630
Sanford, Mike | 0002 | MTC-00032448
Sanford, Ron | 0001 | MTC-00011553
Sanford, Scott | 0001 | MTC-00031152
Sanford, Sue | 0001 | MTC-00013172
Sanford, Sue | 0001 | MTC-00013177
Sangborg, Pis A. | 0002 | MTC-00013794
Sanger, Brett | 0001 | MTC-00016963
Sanger-Morrison, Cheryl | 0001 | MTC-00023176
Sangsupan, ha Thai | 0001 | MTC-00028948
Sanguinetti, Susan | 0001 | MTC-00011348
Sanramon@ airmail.net | 0001 | MTC-00017298
Sansome, F. Rawls | 0001 | MTC-00001439
Sant, Lynn | 0001 | MTC-00012159
Sant, Lynn and Ms. Leanne | 0001 | MTC-00010707
Santa Barbara Industrial Association | 0002 | MTC-00033689
Santa Barbara Tax Payers | 0002 | MTC-00029653
Santa Cruz, Fedenco, B. | 0001 | MTC-00031363
santagrbiv@ aol.com | 0001 | MTC-00000968
Santana, Mario | 0001 | MTC-00016518
Santana, Mario F. | 0001 | MTC-00007331
Santellanes, Carlos | 0001 | MTC-00023831
Santellanes, Carlos | 0002 | MTC-00009704
Santeusanio, Samuel | 0001 | MTC-00022472
Santillie, R. E. | 0001 | MTC-00006540
Santillo, Joseph A. | 0001 | MTC-00008759
Santin, David | 0002 | MTC-00019469
Santmyers, Stephanie | 0001 | MTC-00001958
Santmyers, Stephanie | 0001 | MTC-00004654
Santone, John | 0001 | MTC-00031649
Santopietro, Richard F. | 0001 | MTC-00010958
Santore, Bob and Adie | 0001 | MTC-00028945
Santore, Robert | 0002 | MTC-00029046
Santoro, Frank | 0001 | MTC-00021586
Santoro, Stefano | 0001 | MTC-00018446
Santos, Alan | 0001 | MTC-00018152
Santos, Charles | 0003 | MTC-00008788
Santos, Danny Delos | 0001 | MTC-00033384
Santos, Dennis | 0001 | MTC-00008014
Santos, Gani Delos | 0001 | MTC-00033379
Santos, Gregory | 0001 | MTC-00001288
Santos, Justin Delos | 0001 | MTC-00033382
Santos, Renato De Los | 0001 | MTC-00030894
Santucci, Joan | 0001 | MTC-00006654
Santucci, Patrick J. | 0001 | MTC-00019906
Sanusi, Paul | 0001 | MTC-00006769
Sanz, Robert | 0001 | MTC-00012731
Sapienza, Joseph | 0001 | MTC-00007158
Sapp, Bryan | 0001 | MTC-00006410
Sapp, Earl | 0001 | MTC-00030673
Sappington, Bill | 0001 | MTC-00000242
Sapulra, Erwion | 0001 | MTC-00020093
Sarah L.E. Unisicker | 0001 | MTC-00019721
Sardt, Carol | 0001 | MTC-00008440
Sargeant, Douglas | 0001 | MTC-00025290
Sargent, David | 0001 | MTC-00031110
Sargent, Ron | 0001 | MTC-00007173
Sargent, Sally | 0002 | MTC-00005401
Sarieh, Mike | 0001 | MTC-00005742
Sarieh, Mike | 0001 | MTC-00021691
Sarna, Swasti | 0001 | MTC-00033525
Saroff, Matthew G. | 0001 | MTC-00018432
Sarracino, Jaylene | 0002 | MTC-00029069
Sarrasin, Roger | 0001 | MTC-00003858
Sarria, Miguel | 0001 | MTC-00005503
Sars, John M. | 0001 | MTC-00010216
Sartin, Robert | 0001 | MTC-00027970
Sartirana, Bruno | 0001 | MTC-00007156
Sasette, Steve | 0002 | MTC-00017775
Sass, Donald | 0001 | MTC-00005916
Sass, Glenn and Penny | 0001 | MTC-00002305
Sass, Joe | 0001 | MTC-00000718
Sass, M | 0001 | MTC-00032799
Sassenhagen, Lilli | 0001 | MTC-00005388
Sasso, Catherine | 0001 | MTC-00006524
Satchell, Steven | 0025 | MTC-00018444
Satchmoz | 0001 | MTC-00009096
Sather, Arthur J. | 0001 | MTC-00025592
Satiish-Channa@ notes.amdah.com | 0002 | MTC-00028856
Satoshi, Yajima | 0001 | MTC-00027585
Satpute, Raj | 0001 | MTC-00029316
Satterfield, Brian | 0002 | MTC-00011707
Satterfield, Jack | 0001 | MTC-00027037
Satterlee, Amos | 0001 | MTC-00003265
Satterwhite, Mary | 0001 | MTC-00025989
Satterwhite, Michael | 0001 | MTC-00004288
Satteson, Michael | 0004 | MTC-00028337
Sattler, Michael | 0001 | MTC-00013292
Sattler, William | 0001 | MTC-00015823
Sauage, Shaun | 0002 | MTC-00027807
Sauber, Michael | 0002 | MTC-00032425
Sauby, ROn | 0001 | MTC-00030074
Sauder, Doug | 0001 | MTC-00014770
Sauders, Janet | 0001 | MTC-00030400
Sauer, Marilee | 0001 | MTC-00028701
Sauerwein, Daniel | 0002 | MTC-00018831
Saul, Jeffrey | 0001 | MTC-00021749
Saul, Jim | 0001 | MTC-00001130
Saul, Richard | 0002 | MTC-00010824
Saul, Richard | 0001 | MTC-00007152
Saules, Jacob | 0001 | MTC-00017533
Sauls, Hank | 0001 | MTC-00005273
Saulsberry, Arthur | 0001 | MTC-00026364
Saulsbury, James | 0001 | MTC-00020375
Saultz, James | 0001 | MTC-00024417
Saunders, Colem | 0003 | MTC-00033337
Saunders, Colin | 0003 | MTC-00023811
Saunders, Evelyn | 0001 | MTC-00012097
Saunders, Geoff | 0001 | MTC-00006693
Saunders, George | 0001 | MTC-00005664
Saunders, James | 0001 | MTC-00004565
Saunders, John | 0001 | MTC-00012663
Saunders, Mike | 0002 | MTC-00025474
Saunders, Pat | 0001 | MTC-00013745
Saunders, Robert | 0001 | MTC-00022185
Saunders, Robert | 0001 | MTC-00030164
Sauntry, David | 0001 | MTC-00009117
Sautellanes, Carlos | 0001 | MTC-00033349
Sautter, Bill | 0001 | MTC-00007091
Savage, Bill | 0001 | MTC-00014311
Savage, Michael | 0001 | MTC-00016249
Savage, Ruth | 0001 | MTC-00020845
Savage, Timothy | 0001 | MTC-00022572
Savage, Toni | 0001 | MTC-00027025
Savalli, Fred | 0002 | MTC-00028510
Savastano, Katherine | 0001 | MTC-00013263
Savchenko, Ed | 0001 | MTC-00011681
Saver, Matt | 0001 | MTC-00013863
Saville, James | 0001 | MTC-00010770
Saville, James | 0001 | MTC-00000770
Saville, James | 0001 | MTC-00003402
Saville, Keith | 0001 | MTC-00007369
Savitzky, Stephen R. | 0004 | MTC-00014846
Savliwala, Mustafa | 0001 | MTC-00006738
Saward, Mark | 0001 | MTC-00016528
Sawey, Ricahrd | 0001 | MTC-00003252
Sawhill, Don | 0001 | MTC-00007480
Sawicki, Ed | 0001 | MTC-00024636
Sawicki, Ed | 0001 | MTC-00000047
Sawley, Lewis W. | 0001 | MTC-00028961
Sawley, Lewis W. | 0001 | MTC-00028749
Sawtell, Sean | 0001 | MTC-00004999
Sawyer, Bill | 0002 | MTC-00022619
Sawyer, Chuck | 0001 | MTC-00026571
Sawyer, David | 0001 | MTC-00018854
Sawyer, Judy | 0001 | MTC-00025956
Sawyer, Judy | 0001 | MTC-00011343
Sawyer, Judy | 0001 | MTC-00008124
Sawyer, Judy | 0001 | MTC-00020804
Sawyer, Kristine | 0001 | MTC-00023649
Sawyer, Louis | 0001 | MTC-00025178
Sawyer, Steve | 0001 | MTC-00009576
Sawyer, Timothy | 0001 | MTC-00012232
Sawyer, Tom | 0001 | MTC-00029980
Sax, Mike | 0001 | MTC-00025104
Saxby, John | 0001 | MTC-00004899
Saxton, C. | 0002 | MTC-00010743
Saxton, Dean | 0001 | MTC-00021152
Saxton, Dean | 0001 | MTC-00021153
Saxton, Jim | 0001 | MTC-00004806
Sayer, Nicholas | 0002 | MTC-00009564
Saylor, Jean | 0001 | MTC-00009657
Sayman, Andrew | 0001 | MTC-00017613
Sayre, James | 0002 | MTC-00033824
Sayre, Scott | 0002 | MTC-00004998
Sayyadian, Mayssam | 0001 | MTC-00011053
SBaldlyn@ aol.com | 0003 | MTC-00029024
SBC Communications | 0160 | MTC-00029411
sbcascade@ msn.com | 0001 | MTC-00028601
sbrod@ snip.net | 0001 | MTC-00014599
Sbuandepol@ mac.com | 0001 | MTC-00014708
Sburmanl@ yahoo.com | 0001 | MTC-00017277
SBXBandit@ aol.com | 0001 | MTC-00000686
Scaer, Paul | 0001 | MTC-00003690
Scaffido, Leonard | 0001 | MTC-00000238
Scafidi, Frank | 0001 | MTC-00012396
Scala, Robert L. | 0002 | MTC-00016177
Scally, Jonathan | 0001 | MTC-00002881
Scalone, Ronald | 0001 | MTC-00020516
Scalora, Mike | 0001 | MTC-00003659
Scammon, Christine | 0001 | MTC-00027727
Scanlan, R. Patrick | 0001 | MTC-00008501
Scanlon, Rosemary | 0002 | MTC-00025501
Scanlon, Terry | 0002 | MTC-00009615
Scaramozzinno, Michael | 0002 | MTC-00001430
Scarborough, Hollis | 0002 | MTC-00019808
Scarbrough, Hollis | 0001 | MTC-00008465
Scardina, Dawn | 0001 | MTC-00011011
Scarlet, Richard | 0002 | MTC-00025546
Scarmeas, C. | 0001 | MTC-00023791
Scarpetta, Jim | 0001 | MTC-00002324
Scaturo, Victor | 0001 | MTC-00006022
Scaturo, Victor | 0001 | MTC-00022371
Scavott, Stephen | 0002 | MTC-00033677
Schaaf, Andrew | 0001 | MTC-00027439
Schaaf, Charles | 0001 | MTC-00029825
Schaaf, James M. | 0001 | MTC-00031160
Schaaphok, Chester | 0001 | MTC-00029484
Schaarschmidt, Allen | 0001 | MTC-00031755
Schabert, Peder and N. | 0001 | MTC-00030503
Schacher, Keith | 0001 | MTC-00023902
Schack, Brain | 0001 | MTC-00025271
Schaef, Alan | 0001 | MTC-00030373
Schaefer, Marshall | 0001 | MTC-00002924
Schaefer, Rich | 0003 | MTC-00000039
Schaefer, Scott | 0001 | MTC-00020873
Schaefer, Stephen P. | 0001 | MTC-00007799
Schaer, James | 0001 | MTC-00012367
Schaer, James | 0001 | MTC-00032632
Schaeve, Carol | 0001 | MTC-00006172
Schafer, Alice | 0001 | MTC-00025728
Schafer, Doug | 0001 | MTC-00023894
Schafer, Doug | 0001 | MTC-00033383
Schafer, Joe | 0001 | MTC-00023529
Schafer, Leon | 0002 | MTC-00004816
Schafer, Marc | 0003 | MTC-00004739
Schafer, Wayne | 0001 | MTC-00022018
Schaffel, Larry | 0001 | MTC-00008146
Schaffstall, Charles | 0001 | MTC-00007044
Schakelford | 0001 | MTC-00001960
Schall, Neel | 0001 | MTC-00022983
Schaller, Rick | 0001 | MTC-00026647
Schaller, Scott | 0001 | MTC-00022146
Schallhammer, Brian | 0002 | MTC-00026913
Schalliol, Jon | 0001 | MTC-00002028
Schames, Martin | 0001 | MTC-00005093
Schan, Andre | 0001 | MTC-00012690
Schan, Andre | 0001 | MTC-00028459
Schaper, Don | 0001 | MTC-00023618
Schaper, Douglas B. | 0002 | MTC-00030756
Scharf, Luke | 0001 | MTC-00022107
Scharff, Karelle | 0001 | MTC-00027428
Schary, Martha | 0001 | MTC-00030567
SChatz, Derek | 0001 | MTC-00024865
Schatz, Eric M. | 0001 | MTC-00019165
Schatz, Paul N. | 0001 | MTC-00000325
Schatz, Thomas | 0002 | MTC-00029995
Schatzberg, Eric | 0002 | MTC-00021837
Schaub, David | 0001 | MTC-00010899
Schaub, P. David | 0001 | MTC-00020975
Schauber, Adam and Jo Ann | 0001 | MTC-00014771
Schauer, Emil | 0001 | MTC-00013227
Schauer, William | 0002 | MTC-00033048
Schaul, Phyllis | 0001 | MTC-00011711
Schaunaman, Craig | 0001 | MTC-00030041
Schaupp, Karl | 0001 | MTC-00022810
Scheck, Jason E. | 0001 | MTC-00017688
Scheel, Mark and Snook, Dee | 0001 | MTC-00011946
Scheele, Sara | 0001 | MTC-00010141
Scheer, Lawrence | 0002 | MTC-00019095
Scheibert,Shelly | 0001 | MTC-00021682
Scheid, B.J. | 0001 | MTC-00033493
Scheide, Chip | 0003 | MTC-00002228
Scheidel, Scott | 0001 | MTC-00029874
Scheidler, Michael T. | 0001 | MTC-00017687
Scheie, Petre | 0001 | MTC-00003925
Scheie, Petre | 0001 | MTC-00021514
Scheil, James | 0001 | MTC-00011702
Scheil, James | 0001 | MTC-00006567
Scheirer, Jason | 0002 | MTC-00019270
Schelhorn, Arno | 0001 | MTC-00021623
Schemmel, Grant | 0001 | MTC-00017955
Schendel, Dale | 0001 | MTC-00028778
Schendel, Karl | 0001 | MTC-00022092
Schenk, Melinda | 0001 | MTC-00024302
Scherdel, Beverly and Dale | 0001 | MTC-00011891
Scherer, Mark | 0001 | MTC-00012372
Scherer, Stephen | 0002 | MTC-00003708
Scherf, Steve | 0001 | MTC-00002941
Scherf, Steve | 0002 | MTC-00023373
Scherley, Orson | 0001 | MTC-00013765
Schermerhorn, Joel | 0001 | MTC-00010986
Scherotter, Michael S. | 0001 | MTC-00009128
Scherping, Steve S. | 0002 | MTC-00001790
Scherping, Steve S. | 0002 | MTC-00008582
Scherrer, Jay | 0001 | MTC-00003207
Schertes, Martin | 0001 | MTC-00011896
Scheuplein, Carl R. and Lisa | 0001 | MTC-00025611
Schexnaydre, Larry | 0001 | MTC-00007150
Schexnaydre, Larry | 0001 | MTC-00012526
Schey, Rolf | 0001 | MTC-00022400
Schiavo, Janice | 0001 | MTC-00021657
Schick, David | 0001 | MTC-00019498
Schieder, Hans | 0001 | MTC-00009428
Schier, Steven | 0001 | MTC-00002074
Schierling, Cindy | 0001 | MTC-00032873
Schiess, Steve | 0001 | MTC-00020633
Schifanella, Tom | 0001 | MTC-00007051
Schiff, Steve | 0001 | MTC-00016977
Schiffke, Peter | 0001 | MTC-00020769
Schiffman, Howard | 0001 | MTC-00005928
Schildroth, Ronald | 0002 | MTC-00033420
Schilke, Ben | 0001 | MTC-00026733
Schiller, Mike | 0002 | MTC-00019582
Schiller, Stephen | 0002 | MTC-00032914
Schima, Frank | 0001 | MTC-00025487
Schinnell, Debbie | 0001 | MTC-00029093
Schinnell, Gary | 0001 | MTC-00012491
Schiraldi, Mike | 0001 | MTC-00015943
Schiraldi, Mike | 0001 | MTC-00003371
schirgotis@ earthlink.net | 0001 | MTC-00024250
Schlafly, Roger | 0001 | MTC-00003772
Schlag8775@ AOL.COM | 0001 | MTC-00006885
Schlange, Linda | 0001 | MTC-00011748
Schlatre, Michelle | 0001 | MTC-00027775
Schlecht, Joseph | 0001 | MTC-00003317
Schlecht, Joseph | 0001 | MTC-00003923
Schlegel, Elizabeth | 0001 | MTC-00013861
Schlegel, Mick | 0001 | MTC-00021421
Schleiger, Robert | 0001 | MTC-00029200
Schlenker, Ethan | 0001 | MTC-00016659
Schlesak, don | 0001 | MTC-00001457
Schlinkman, Patricia | 0001 | MTC-00025929
Schlinkmann, Patricia | 0001 | MTC-00006966
Schloeder, Don Karen | 0001 | MTC-00020032
Schloss, Pete | 0002 | MTC-00001252
Schlosser, Margaret | 0002 | MTC-00032590
Schlosser, Margarite | 0003 | MTC-00032551
Schlueter, Wayne | 0001 | MTC-00013605
Schlunder, Ed | 0001 | MTC-00014900
Schmatz, Jeffrey A. | 0001 | MTC-00005634
Schmeidler, Dan | 0002 | MTC-00020091
Schmeiser, Steve | 0001 | MTC-00015183
Schmidt, Adam | 0001 | MTC-00025066
Schmidt, Amy | 0001 | MTC-00014263
Schmidt, Bill | 0001 | MTC-00009724
Schmidt, C. | 0001 | MTC-00016108
Schmidt, Damon | 0002 | MTC-00016179
Schmidt, Daniel F. | 0004 | MTC-00021338
Schmidt, Erich | 0001 | MTC-00003897
Schmidt, Erik | 0001 | MTC-00016799
Schmidt, H. J. | 0001 | MTC-00018866
Schmidt, Hal | 0001 | MTC-00010507
Schmidt, Jeff | 0001 | MTC-00010173
Schmidt, Karl | 0001 | MTC-00020087
Schmidt, Keith | 0003 | MTC-00027385
Schmidt, Matthew | 0001 | MTC-00018869
Schmidt, Pamela | 0001 | MTC-00009418
Schmidt, Patrick | 0001 | MTC-00000372
Schmidt, Paul | 0001 | MTC-00006739
Schmidt, Pete | 0001 | MTC-00004134
Schmidt, Peter | 0001 | MTC-00016467
Schmidt, Robert H. | 0001 | MTC-00026185
Schmidt, Rollie | 0002 | MTC-00008729
Schmidt, Scott | 0001 | MTC-00017584
Schmidt, Steve | 0001 | MTC-00019996
Schmidt, Tod | 0001 | MTC-00015705
Schmidt, Victor H. | 0001 | MTC-00013898
Schmidt, Walter | 0002 | MTC-00033514
Schmidt, Walter C. | 0002 | MTC-00029558
Schmidt, Westly | 0001 | MTC-00010839
Schmidtz, Pamela | 0001 | MTC-00032416
Schmiedel, Aaron | 0001 | MTC-00023305
Schmike, James | 0001 | MTC-00006917
Schmitcke, Brad | 0001 | MTC-00004846
Schmitt, Jeffrey D. | 0001 | MTC-00012086
Schmitt, Karl F. | 0001 | MTC-00007509
Schmitz, Arnold & Linda | 0001 | MTC-00000879
Schmitz, Burt | 0002 | MTC-00015820
Schmitz, Scott | 0002 | MTC-00000374
Schmoll, C. H. | 0001 | MTC-00012797
Schmoll, C.H. | 0001 | MTC-00007785
Schmollinger, Bettye D. | 0001 | MTC-00028275
Schmotz, Doug | 0001 | MTC-00029365
Schneck, Paul J. | 0001 | MTC-00014562
Schneeweiss, Hallie | 0001 | MTC-00012683
Schneide, Joel | 0004 | MTC-00030352
Schneider, Charles | 0001 | MTC-00013519
Schneider, Charles | 0001 | MTC-00009574
Schneider, Charles | 0001 | MTC-00005961
Schneider, Frank | 0002 | MTC-00014738
Schneider, Irma | 0002 | MTC-00033221
Schneider, Janice | 0001 | MTC-00013268
Schneider, Joel | 0003 | MTC-00022882
Schneider, John | 0001 | MTC-00014061
Schneider, Ken | 0002 | MTC-00032240
Schneider, Lorette | 0001 | MTC-00011465
Schneider, Lorette | 0001 | MTC-00004030
Schneider, Lorette | 0001 | MTC-00006202
Schneider, Louis F. | 0001 | MTC-00011496
Schneider, Morrie | 0001 | MTC-00013061
Schneider, Neil | 0003 | MTC-00025604
Schneider, Richard | 0001 | MTC-00001236
Schneider, Richard F. | 0001 | MTC-00005128
Schneider, Scott | 0001 | MTC-00007010
Schneider, Stuart | 0001 | MTC-00017946
Schneider, Tiffany | 0001 | MTC-00022712
Schneider, Tom D. | 0001 | MTC-00004066
Schneider, Walter | 0001 | MTC-00013266
Schneider, Walter | 0001 | MTC-00013267
Schneider, William J. | 0001 | MTC-00030346
Schneider, Wolfgang | 0001 | MTC-00011207
Schneider, Zacahry | 0001 | MTC-00015212
Schneirov, Zachary | 0001 | MTC-00017117
Schnek, Kay | 0005 | MTC-00010546
Schnelz, Gene | 0001 | MTC-00007144
Schniederjans, Marc | 0001 | MTC-00008484
Schnitzer, Gary | 0001 | MTC-00016276
Schnolis, R. Duke | 0001 | MTC-00020773
Schnuck, John | 0002 | MTC-00032455
Schnurr, Carl | 0002 | MTC-00028923
Schnute, Joan | 0001 | MTC-00026207
Schober, Bryce | 0001 | MTC-00017147
Schober, Larry | 0001 | MTC-00011506
Schober, Larry | 0001 | MTC-00005923
Schober, Larry | 0001 | MTC-00011531
SchoecK, Dale | 0001 | MTC-00019370
Schoeder, Russell | 0001 | MTC-00002860
Schoen, Erica | 0001 | MTC-00031057
Schoen, Frank | 0001 | MTC-00014195
Schoenbaum, Mark | 0001 | MTC-00018191
Schoenberg, Larry | 0001 | MTC-00005910
Schoenbert, Larry | 0001 | MTC-00011653
Schoendorf, Michael | 0001 | MTC-00032033
Schoenharl, Ed | 0001 | MTC-00000891
Schoenharl, Ed and Linda Sue | 0002 | MTC-00014640
Schoenherr, Bill | 0001 | MTC-00030917
Schoettler, Carl | 0002 | MTC-00033521
Schoettler, James R. | 0001 | MTC-00005941
Schofield, David | 0001 | MTC-00007908
Schofield, David | 0001 | MTC-00031469
Schofield, Jack | 0001 | MTC-00031253
Schollars, Rhoda E. | 0003 | MTC-00001331
Schollenberg, Robert | 0001 | MTC-00019031
Scholp, Carol | 0001 | MTC-00012421
Schoman, Donald | 0001 | MTC-00025515
Schonder, Matthias | 0002 | MTC-00008895
Schone, Ed | 0001 | MTC-00007878
Schonfeld, Klaus | 0002 | MTC-00031374
Schoof, Russell | 0001 | MTC-00018534
Schopf, Gregory | 0002 | MTC-00032478
Schor, Robert A. | 0001 | MTC-00010340
Schornstein, Marilyn | 0001 | MTC-00031728
Schorsh | 0001 | MTC-00026400
Schott, Jim | 0001 | MTC-00005759
Schott, Steve | 0002 | MTC-00021911
Schouest, Paul | 0001 | MTC-00026090
Schrack, Greg | 0002 | MTC-00030336
Schrader, Scott | 0002 | MTC-00019663
Schram, Jeffrey | 0001 | MTC-00030809
Schram, Rhonda | 0001 | MTC-00030401
Schreck, David F. | 0001 | MTC-00011279
Schreck, Frank | 0001 | MTC-00003574
Schreck, Paul, J. | 0001 | MTC-00002591
Schreiber, Adam | 0001 | MTC-00014970
Schreiber, Ben | 0001 | MTC-00014827
Schreiber, jon | 0001 | MTC-00015850
Schreidber, John | 0001 | MTC-00014608
Schreier, Kevin | 0002 | MTC-00021050
Schreiner, Charles | 0001 | MTC-00030540
Schreiner, Gernot | 0001 | MTC-00002537
Schreiner, Myron | 0001 | MTC-00011934
Schreiner, Myron M. | 0001 | MTC-00029302
Schreiner, Warren C. | 0001 | MTC-00029297
Schreuers, Michael R. | 0001 | MTC-00029585
Schrey, David | 0001 | MTC-00003166
Schrier, Nick | 0001 | MTC-00000103
Schriever, Herbert | 0001 | MTC-00026775
Schroeder, Jay | 0003 | MTC-00032933
Schroeder, Jeff | 0002 | MTC-00023086
Schroeder, John | 0001 | MTC-00001134
Schroeder, John W. | 0001 | MTC-00010499
Schroeder, Martha | 0001 | MTC-00006984
Schroeder, Michael J. | 0001 | MTC-00006931
Schroeder, Richard T. | 0001 | MTC-00006776
Schroeder, Robert | 0001 | MTC-00012779
Schroeder, Robin | 0001 | MTC-00005358
Schroepfer, Art | 0001 | MTC-00001606
Schroepfer, K.R. | 0001 | MTC-00028464
Schroer, Greg | 0001 | MTC-00008342
Schroff, Guy | 0002 | MTC-00024380
Schrum, Georgia | 0001 | MTC-00031754
Schubert, Wendell | 0001 | MTC-00004045
Schuch, John | 0001 | MTC-00017738
Schuck, John | 0002 | MTC-00032144
Schuetheiss, Michael | 0003 | MTC-00017332
Schuette, Bill | 0002 | MTC-00030355
Schuette, Marc | 0002 | MTC-00028870
Schuetz, John | 0001 | MTC-00003960
Schuh, Cheryl | 0001 | MTC-00005594
Schuh, Mike | 0002 | MTC-00029535
Schuldberg, George | 0001 | MTC-00000748
Schuldt, Steven | 0001 | MTC-00015845
Schuler, David W. | 0002 | MTC-00023341
Schuler, Kevin | 0001 | MTC-00027512
Schuler, Kevin | 0001 | MTC-00033565
Schuler, Martha | 0001 | MTC-00023555
Schulien, Chuck | 0001 | MTC-00005706
Schulken, Bion | 0003 | MTC-00002254
Schulman, Dennis | 0001 | MTC-00010533
Schulman, Robert | 0001 | MTC-00009021
Schulte, Gary | 0002 | MTC-00016622
Schulte, Loras | 0001 | MTC-00029927
Schulte, Marie | 0001 | MTC-00029714
Schulteis, Tim | 0002 | MTC-00028978
Schulthes, Vernon | 0001 | MTC-00006888
Schultski, Edward | 0001 | MTC-00022871
Schultz, Dave | 0002 | MTC-00022487
Schultz, Hayden | 0001 | MTC-00020963
Schultz, James | 0003 | MTC-00000440
Schultz, Jerry | 0001 | MTC-00029261
Schultz, John | 0001 | MTC-00001655
Schultz, Loris | 0001 | MTC-00024143
Schultz, Matt | 0002 | MTC-00001938
Schultz, Matt | 0002 | MTC-00026269
Schultz, Michael | 0002 | MTC-00004630
Schultz, Peter | 0002 | MTC-00028362
Schultz, Ron | 0001 | MTC-00008640
Schultze, Karl | 0001 | MTC-00003527
Schulz, Brian | 0001 | MTC-00000474
Schulz, E. Matthew | 0001 | MTC-00024709
Schulz, Ed | 0001 | MTC-00012264
Schulz, Mike | 0001 | MTC-00031745
Schulz, Sylvia | 0001 | MTC-00022375
Schulz, Walter | 0002 | MTC-00033830
Schulze, Bob | 0003 | MTC-00018164
Schulze, Bob | 0001 | MTC-00009505
Schumacher, C. W. | 0001 | MTC-00006765
Schumacher, Janey | 0002 | MTC-00029364
Schumacher, Kevin | 0001 | MTC-00001726
Schumacher, Kevin | 0003 | MTC-00029406
Schuman, Donald | 0001 | MTC-00005320
Schuman, Leo | 0001 | MTC-00022065
Schumer, Sol | 0001 | MTC-00002643
Schusler, Sheldon | 0001 | MTC-00031578
Schuster, Charles A. | 0001 | MTC-00008129
Schuster, Charles A. | 0001 | MTC-00013416
Schuster, Richard J. | 0001 | MTC-00027139
Schwab, August | 0001 | MTC-00008420
Schwab, Auguste | 0001 | MTC-00021638
Schwab, David | 0003 | MTC-00001491
Schwab, Edwin | 0001 | MTC-00004955
Schwab, Richard | 0001 | MTC-00005267
Schwager, Pauline | 0001 | MTC-00022017
Schwager, Pauline | 0001 | MTC-00030297
Schwalb, Robert | 0001 | MTC-00001293
Schwarm, Alexander | 0001 | MTC-00023735
Schwartz | 0001 | MTC-00031329
Schwartz, Anne | 0002 | MTC-00013425
Schwartz, Carrie | 0001 | MTC-00004190
Schwartz, Dan | 0001 | MTC-00024085
Schwartz, Dan | 0002 | MTC-00029893
Schwartz, David P. | 0004 | MTC-00007713
Schwartz, Eddie | 0001 | MTC-00028738
Schwartz, Joe | 0001 | MTC-00018405
Schwartz, Joseph L. | 0001 | MTC-00029196
Schwartz, Lane | 0002 | MTC-00025812
Schwartz, Michael | 0002 | MTC-00006996
Schwartz, Michael | 0001 | MTC-00011388
Schwartz, Michael | 0002 | MTC-00007023
Schwartz, Mirriam | 0001 | MTC-00031917
Schwartz, Revelene | 0001 | MTC-00012492
Schwartz, Steve | 0001 | MTC-00003278
Schwartz, Steve | 0001 | MTC-00005374
Schwartz, Steven | 0003 | MTC-00004629
Schwartz, Stu | 0002 | MTC-00031559
Schwarz, Brian | 0001 | MTC-00017343
Schwarz, Chris | 0001 | MTC-00007154
Schwarz, Michael | 0001 | MTC-00004352
Schwarzt, Michael I. | 0001 | MTC-00003034
Schweers, Morgan | 0001 | MTC-00003422
Schwegler, John | 0003 | MTC-00015641
Schweiker, Roy | 0001 | MTC-00008553
Schweinsburg, Scott | 0001 | MTC-00024121
Schweisguth, Melissa | 0001 | MTC-00028867
Schwele, Tim | 0002 | MTC-00007958
Schwenk, Nate | 0001 | MTC-00001704
Schwenk, Peter | 0001 | MTC-00021062
Schweppe, Warren | 0001 | MTC-00002625
Schwerdt, Tom | 0001 | MTC-00018720
Schwinek, Lorvey H. | 0001 | MTC-00029461
Schwitz, Michael | 0001 | MTC-00017273
Schzer, Daniel | 0001 | MTC-00021451
Scifihead@ yahoo.com | 0001 | MTC-00019306
Scilipoti, Matt | 0001 | MTC-00022077
Scmitz, James F. | 0001 | MTC-00016129
SCMpar242@ aol.com | 0001 | MTC-00007579
Scneider, Walter and Janice | 0001 | MTC-00028980
Scoblete, Michael | 0001 | MTC-00013620
Scoff, Tim | 0001 | MTC-00020680
Scoggens, Jumana | 0001 | MTC-00007998
Scoggins, Hal | 0001 | MTC-00012274
Scoggins, Jumana | 0001 | MTC-00025381
Scoggins, Vern | 0001 | MTC-00007882
Scoggins, Vern | 0001 | MTC-00014266
Scoglio, Joe | 0002 | MTC-00033269
Scoobedo13@ yahoo.com | 0001 | MTC-00010426
SCOOBSJK | 0001 | MTC-00003050
Scothern, John | 0001 | MTC-00014869
Scotney, Pierre | 0001 | MTC-00018803
Scotney, Pierre | 0001 | MTC-00018807
Scott | 0001 | MTC-00004803
Scott II, Larry | 0001 | MTC-00018995
Scott, Alvin | 0005 | MTC-00027210
Scott, Andrew | 0001 | MTC-00016162
Scott, Beth | 0001 | MTC-00005542
Scott, Bill | 0001 | MTC-00000091
Scott, Candy | 0002 | MTC-00032859
Scott, Chuck | 0001 | MTC-00004797
Scott, Darpen | 0001 | MTC-00017152
Scott, David | 0001 | MTC-00001987
Scott, Edward | 0001 | MTC-00000028
Scott, Elliot | 0002 | MTC-00025993
Scott, Frank | 0001 | MTC-00006163
Scott, Frank | 0001 | MTC-00006785
Scott, Gregory | 0001 | MTC-00002022
Scott, Jane | 0001 | MTC-00012721
Scott, Jane | 0001 | MTC-00025324
sCOTT, jOEL | 0001 | MTC-00024059
Scott, John | 0001 | MTC-00000711
Scott, Justin | 0002 | MTC-00017807
Scott, Kip | 0001 | MTC-00029900
Scott, Larry | 0001 | MTC-00033136
Scott, Leland | 0001 | MTC-00026198
Scott, Mac | 0001 | MTC-00022127
Scott, Roger | 0001 | MTC-00002424
Scott, Ryan | 0001 | MTC-00020177
Scott, Samuel | 0001 | MTC-00000227
Scott, Stephen | 0001 | MTC-00031660
Scott, Steve | 0001 | MTC-00031415
Scott, Steven G. | 0001 | MTC-00002746
Scott, Tillema | 0002 | MTC-00026094
Scott, Vivian | 0001 | MTC-00005718
Scott, Warren | 0002 | MTC-00031420
Scott, William | 0001 | MTC-00008751
scott.a.oberle@ boeing.com | 0001 | MTC-00024779
Scottaline, Michael | 0002 | MTC-00005037
Scrivenor, James R. | 0001 | MTC-00011990
Scrivner, Steve | 0001 | MTC-00015822
Scrofani, Richard | 0002 | MTC-00032223
Scruggs, Barbara | 0002 | MTC-00032213
ScubaNark@ aol.com | 0001 | MTC-00006411
Scully, John C. | 0001 | MTC-00007275
Seaboldtt | 0001 | MTC-00019435
Seacrist, Ben | 0001 | MTC-00011268
Seager, Chris | 0001 | MTC-00018962
Seal, Philip | 0001 | MTC-00027223
Seale, Christopher | 0001 | MTC-00029821
Sealey, Mark | 0001 | MTC-00004784
Seals, John | 0001 | MTC-00016150
Seals, Pam | 0001 | MTC-00016302
Seaman, Marver | 0002 | MTC-00031323
Seaman, Melissa | 0001 | MTC-00021084
Sean McNally | 0001 | MTC-00019745
Seaquist, Steve | 0001 | MTC-00013968
Searcy, Mike | 0006 | MTC-00028905
Searing, Paul | 0001 | MTC-00026582
Searman, William | 0001 | MTC-00022941
Sears, Mary Catherine | 0001 | MTC-00022534
Sears, Russell | 0001 | MTC-00019327
Sears, William | 0001 | MTC-00023375
Seaver, Mark A. | 0002 | MTC-00022937
Seay, Dorothy | 0001 | MTC-00012808
Seay, Samuel | 0001 | MTC-00016335
Sebahar, Mike | 0001 | MTC-00013385
Sebastian, Karl | 0002 | MTC-00026396
Sebastian, Sennory | 0001 | MTC-00015325
Seboldt, Glenn | 0001 | MTC-00025273
sebolt@ cybolt.com | 0001 | MTC-00017230
Sebrechts, Joeri | 0003 | MTC-00004286
Sebright, Shirley | 0002 | MTC-00030574
Sechan, Gabriel | 0001 | MTC-00019440
Secor, Steve | 0001 | MTC-00005704
Secrest, Will | 0001 | MTC-00016899
Secret, David | 0001 | MTC-00011070
Secret, David | 0001 | MTC-00031855
Secrist, Daniel and Susan | 0001 | MTC-00013437
Secrist, Van | 0002 | MTC-00001575
Secrist, Van | 0001 | MTC-00000667
Sedars, Jo Ann | 0001 | MTC-00010849
Sedgwick, Glenn W. | 0001 | MTC-00013354
Sedlack, Tim | 0002 | MTC-00007776
Sedo, Arturo | 0001 | MTC-00004128
See, Eric | 0001 | MTC-00024307
See, Larry | 0001 | MTC-00029016
Seebach, Peter | 0001 | MTC-00000125
Seeger, Jerry | 0001 | MTC-00004714
Seegert, Jason E | 0002 | MTC-00017866
Seehagen, John | 0001 | MTC-00000897
Seel, Lary | 0001 | MTC-00029075
Seeley,Michael | 0001 | MTC-00024357
Seels, Barbara | 0001 | MTC-00010077
Seelye, Ruth | 0001 | MTC-00008528
Seery, Richard | 0003 | MTC-00026081
Seff, George A. | 0002 | MTC-00018860
Segal, Leonard | 0001 | MTC-00024261
Segall, Mark | 0002 | MTC-00003160
segavia@ fxz.com | 0001 | MTC-00014505
Segebade, Bernard | 0001 | MTC-00006315
Sego, Judith | 0001 | MTC-00014074
Seguin, Brian | 0002 | MTC-00028797
Seguin, Brian | 0002 | MTC-00030202
Seguin, Brian P. | 0002 | MTC-00026625
Seguin, Cleon | 0001 | MTC-00011601
Seidl, Andrew | 0001 | MTC-00015247
Seiferas, Joel | 0001 | MTC-00019400
Seifert, Mark | 0001 | MTC-00000849
Seiferth, Justin | 0001 | MTC-00004071
Seikel, Kenneth | 0003 | MTC-00027698
Seiler, Jeff | 0001 | MTC-00005371
Seiler, Randall | 0001 | MTC-00030251
Seip, Roger Michael | 0001 | MTC-00015757
Seitao, Michael | 0001 | MTC-00001266
Seitz, Galen | 0001 | MTC-00027563
Seitz, George | 0002 | MTC-00012074
Sekar, Philip | 0001 | MTC-00028018
Sekar, Philip C. | 0001 | MTC-00024511
Selby, John | 0001 | MTC-00031828
Selden, Thaddeus | 0001 | MTC-00014916
Seldon, Arnold | 0001 | MTC-00011621
Selekman, Aryeh | 0001 | MTC-00023690
Selgas, Alfred | 0002 | MTC-00009983
Selhorn, Art | 0001 | MTC-00012198
Selister, Simon | 0001 | MTC-00012149
Selits, Leslie | 0001 | MTC-00002927
Sell, Leo | 0001 | MTC-00018493
Sellers, C. Anthony | 0001 | MTC-00027408
Sellers, Dieter | 0001 | MTC-00011125
Sellers, Jon | 0001 | MTC-00004518
Sellers, Marcus | 0001 | MTC-00021647
Sellner, Kurt | 0001 | MTC-00016719
Sellon, Charles | 0002 | MTC-00033421
Sellon, Charles A. | 0001 | MTC-00010737
Sells, Daniel | 0001 | MTC-00027750
Sells, Daniel | 0001 | MTC-00028740
Selman, Larkin | 0001 | MTC-00022075
Selmer, Tracy | 0001 | MTC-00031472
Selmo, Joe | 0001 | MTC-00012912
Selnans, Wanda | 0001 | MTC-00030020
Selnick, Mary | 0001 | MTC-00008058
Selt, Ed | 0001 | MTC-00005953
Seltzer, Larry | 0001 | MTC-00000775
Seltzer, Larry | 0001 | MTC-00006198
Seltzer, Tim | 0001 | MTC-00021716
selwacorp@ msn.com | 0001 | MTC-00024244
Semach, Dave | 0002 | MTC-00023365
Semel, Lee | 0001 | MTC-00016495
Semiraglio, Ray | 0001 | MTC-00024055
Semler, Kurt | 0001 | MTC-00020218
Semple, Tim | 0001 | MTC-00008521
Senatore, William | 0002 | MTC-00033139
Sendlakowski, Mike | 0001 | MTC-00022910
Senften, Donald | 0001 | MTC-00031134
Senften, Virginia | 0001 | MTC-00031135
Senftleben, Martin | 0002 | MTC-00004567
Senftleber, Martin | 0001 | MTC-00020126
Seng, David | 0001 | MTC-00032816
Senior, Ben | 0001 | MTC-00020446
Senkmajer, Erick J. | 0001 | MTC-00014365
Senko, Frank | 0002 | MTC-00033443
Senour, Alethea | 0001 | MTC-00018248
Sensale, Rich and Deb | 0002 | MTC-00000479
Sentman, James | 0001 | MTC-00018798
Sepeta, Jeff | 0001 | MTC-00000551
Seppala, Doyle | 0001 | MTC-00018022
Serafini, Francis H. | 0001 | MTC-00013785
Sercel, Joel C. | 0001 | MTC-00026404
Serda, Clyde | 0001 | MTC-00008132
Seretean, Debra | 0001 | MTC-00031103
Sergeant, Bruce | 0001 | MTC-00020951
Sergeant, Bruce | 0001 | MTC-00020961
Sergeant, Steve | 0001 | MTC-00027520
Sergel, Carolyn | 0001 | MTC-00029817
Serpico, James, Cherye & Alex | 0002 | MTC-00030378
Serrano, Alberto | 0001 | MTC-00007782
Serrano, Olivier | 0001 | MTC-00009475
Sesher, Scott | 0001 | MTC-00017373
Sesler, Donna | 0001 | MTC-00022747
Sesnovich, B.A. | 0002 | MTC-00013480
Sesock, Kevin A. | 0001 | MTC-00017661
Sessions, D.C. | 0002 | MTC-00024125
Sessoms, Mack | 0001 | MTC-00003821
Seth, Johanna | 0001 | MTC-00006535
Seth, Johanna | 0001 | MTC-00014022
Seth, Johanna | 0001 | MTC-00011571
Sethuraman, Krishna | 0001 | MTC-00019838
Settenrich, Brandon | 0001 | MTC-00026390
Setter, Gordon | 0002 | MTC-00001181
Settle, Patrick | 0003 | MTC-00005767
Settle, patrick | 0003 | MTC-00030758
Setzer, Alphild | 0001 | MTC-00010032
Setzer, John | 0001 | MTC-00004192
Setzer, Mitchell | 0002 | MTC-00031794
Seufert, Timothy A. | 0002 | MTC-00019415
Seuhs, Roland | 0001 | MTC-00004566
Sev | 0001 | MTC-00024711
Sevakis, Justin | 0001 | MTC-00014131
Sevelius, Gunner | 0001 | MTC-00030836
Sevenich, Stephen | 0001 | MTC-00007233
Severance, Allen | 0001 | MTC-00011120
Severdia, Ron | 0001 | MTC-00001728
Severdia, Ron | 0001 | MTC-00013048
Severino, Susan | 0001 | MTC-00029945
severio@ peoplepc.com | 0001 | MTC-00015994
Sevey, John | 0002 | MTC-00015089
Sevilla, Thomas | 0001 | MTC-00013260
Seward, Jerome | 0001 | MTC-00026708
Sewell, Guy | 0001 | MTC-00033336
Sewell, Guy | 0001 | MTC-00023812
Sewell, Kenneth | 0001 | MTC-00015444
Sewell, P.L. | 0002 | MTC-00027866
Sewerson, Hurst | 0001 | MTC-00030282
Sexauer, Donald | 0001 | MTC-00012995
Sexauer, Rick | 0001 | MTC-00032817
Sexson, Orbin | 0001 | MTC-00020679
Sexton, Chris | 0001 | MTC-00015714
Sexton, Chris | 0003 | MTC-00015919
Sexton, Jamey | 0001 | MTC-00031847
Sexton, Jim | 0001 | MTC-00009131
Sexton, Lucinda | 0001 | MTC-00032963
Sexton, Orbin M. | 0001 | MTC-00026676
Seybert, marge | 0001 | MTC-00007861
Seybold, John | 0002 | MTC-00020284
Seybold, John B. | 0002 | MTC-00033266
Seymour, Betty | 0001 | MTC-00005539
Seymour, Donald | 0001 | MTC-00005326
Seymour, Matthew | 0001 | MTC-00030377
sfcwhidbey.com | 0001 | MTC-00024293
Sfikas, Ted | 0001 | MTC-00012877
Sfin5259@ aol.com | 0001 | MTC-00005676
Sfjet | 0001 | MTC-00005064
SH | 0001 | MTC-00003434
Shabels | 0001 | MTC-00005661
Shackelford, Alan | 0001 | MTC-00026755
Shackelford, Grant | 0001 | MTC-00023614
Shackelford, John | 0001 | MTC-00002181
Shackelford, Ken | 0001 | MTC-00002972
Shackelford, Leonard | 0001 | MTC-00028830
Shackelford, Vic | 0001 | MTC-00006945
Shackittam@ aol.com | 0001 | MTC-00014688
Shackleford, Roy | 0001 | MTC-00030141
Shaddix, Doug | 0001 | MTC-00024351
Shade, Carol | 0001 | MTC-00031403
Shade, gary | 0001 | MTC-00024565
Shadley, Mark | 0001 | MTC-00000946
Shaeffenevy@ aol.com | 0001 | MTC-00014657
Shaeffer, Kirk | 0001 | MTC-00005317
Shafer, Andrew | 0001 | MTC-00025564
Shafer, Eugene | 0002 | MTC-00033612
Shafer, Matthew | 0001 | MTC-00018905
Shaffer Jr., Roger | 0002 | MTC-00018346
Shaffer, Becki | 0002 | MTC-00033119
Shaffer, Debra | 0001 | MTC-00013957
Shaffer, Debra | 0001 | MTC-00021448
Shaffer, Jeff | 0001 | MTC-00003073
Shaffer, Michael | 0001 | MTC-00016940
Shafto, Eric | 0001 | MTC-00015290
Shafto, Neal | 0001 | MTC-00005353
Shah, Amish | 0001 | MTC-00027359
Shah, Amit | 0002 | MTC-00026583
Shah, D. | 0007 | MTC-00029613
Shah, Deepak | 0005 | MTC-00027514
Shah, Dinesh | 0001 | MTC-00008142
Shah, Rajen | 0002 | MTC-00024891
Shahbaz, Ali | 0001 | MTC-00005436
Shahbaz, Dimi | 0001 | MTC-00014987
shahlatiptan@ msn.com | 0001 | MTC-00014512
shailasg@ hotmail.com | 0001 | MTC-00014536
Shakeri, Mohammad | 0001 | MTC-00025211
Shallot, Ken | 0003 | MTC-00004253
Shaltz, Holly | 0001 | MTC-00026693
Shamoff, David | 0002 | MTC-00016836
Shampo, Patricia | 0001 | MTC-00032820
Shanander, Dianne | 0001 | MTC-00012383
Shane | 0002 | MTC-00021810
Shane, Howard | 0001 | MTC-00000756
Shaner, David | 0001 | MTC-00025067
Shaner, Frank | 0001 | MTC-00007567
Shaner, Leon | 0001 | MTC-00022259
Shaner, Patrick | 0002 | MTC-00026719
Shangraw, Keith | 0001 | MTC-00032109
Shank, Charles | 0001 | MTC-00015992
Shankar, Ganesh | 0001 | MTC-00021185
Shanklin, Heidi | 0001 | MTC-00015000
Shanks, Bayle | 0001 | MTC-00003611
Shanks, Louis | 0001 | MTC-00019828
Shanley, James F. | 0001 | MTC-00010916
Shannon, C. Vance | 0002 | MTC-00017834
Shannon, C. Vance | 0002 | MTC-00018167
Shannon, Dan | 0001 | MTC-00004118
Shannon, Donald | 0001 | MTC-00004356
Shannon, Duncan | 0001 | MTC-00016142
Shannon, Sharlene | 0001 | MTC-00026315
Shannon-Biddiscombe, Sue | 0001 | MTC-00008160
Shapino, David | 0001 | MTC-00014489
Shapiro, Abe | 0001 | MTC-00008412
Shapiro, Alen | 0002 | MTC-00027437
Shapiro, Charles | 0001 | MTC-00021498
Shapiro, Cheryl | 0002 | MTC-00008796
Shapiro, Gary | 0002 | MTC-00028274
Shapiro, Julian | 0001 | MTC-00021695
Shapiro, Lee G. | 0001 | MTC-00001810
Shapiro, Marc | 0002 | MTC-00018084
Shapiro, Phil | 0001 | MTC-00013294
Shapiro, Phil | 0001 | MTC-00001390
Sharanevych, Oleh | 0001 | MTC-00001684
Sharer, John | 0001 | MTC-00007975
Shark, W. Chris | 0001 | MTC-00016121
Sharma, Raj | 0001 | MTC-00007280
Sharmugam, Karthik | 0001 | MTC-00010812
Sharn, Gary | 0001 | MTC-00013307
SharonTOmg@ aol.com | 0001 | MTC-00007469
Sharp, Daryn | 0002 | MTC-00001677
Sharp, Harold | 0001 | MTC-00013009
Sharp, Harriet | 0001 | MTC-00009608
Sharp, Henry | 0001 | MTC-00009253
Sharp, John | 0001 | MTC-00032044
Sharp, Michael | 0002 | MTC-00028803
Sharp, Nick | 0001 | MTC-00019035
Sharp, Robert | 0001 | MTC-00020271
Sharp, Robert J. | 0001 | MTC-00001889
Sharp, Ryan | 0001 | MTC-00012934
Sharp, Steven | 0001 | MTC-00022035
Sharpe, Bill | 0001 | MTC-00012096
Sharpe, Christie | 0001 | MTC-00008792
Sharpe, Patricia | 0001 | MTC-00020695
Sharpe, Wesley and Lynn | 0001 | MTC-00028657
Sharpee, Jason | 0001 | MTC-00018418
Shatto, John | 0001 | MTC-00006275
Shau, Jasper | 0001 | MTC-00029428
Shaver, William A. | 0005 | MTC-00027112
sHAW, bILL | 0001 | MTC-00007885
Shaw, Bob | 0001 | MTC-00021216
Shaw, Derek | 0001 | MTC-00022312
Shaw, Donald | 0001 | MTC-00011855
Shaw, Gregory | 0001 | MTC-00019238
Shaw, Jason | 0001 | MTC-00008543
Shaw, John T. | 0001 | MTC-00016552
Shaw, Martha | 0002 | MTC-00018767
Shaw, Michael | 0001 | MTC-00006586
Shaw, Michael | 0002 | MTC-00028567
Shaw, Robert H. | 0001 | MTC-00010084
Shaw, Ryan; Mortensen, Leif; LaFrance, David | 0001 | MTC-00030671
Shaw, W. | 0002 | MTC-00011286
Shaw, William | 0001 | MTC-00001225
Shawn | 0001 | MTC-00000306
Shawn | 0001 | MTC-00025876
Shawnlab@ microsoft.com | 0001 | MTC-00005379
Shawnm@ wsp008010wss-inprise.com | 0001 | MTC-00016625
shawn—lm@ hotmail.com | 0001 | MTC-00025654
Shawrer, Gary | 0001 | MTC-00003715
Shawver, Gary W. | 0001 | MTC-00019558
Shawver, Rick | 0001 | MTC-00020858
Shay, William | 0001 | MTC-00003408
Shaynak, Craig | 0002 | MTC-00025096
shdwflen@ hotmail.com | 0001 | MTC-00011114
Shea, Andrew | 0001 | MTC-00016463
Shea, John | 0001 | MTC-00009470
Shea, Sandra | 0001 | MTC-00023645
Shea, Timothy | 0002 | MTC-00020018
Sheafer, Jim | 0001 | MTC-00022477
Sheard, Ann | 0001 | MTC-00030221
Shearer, Doris & Burt | 0001 | MTC-00008383
Shearer, Grant | 0001 | MTC-00020752
Shearer, PArk | 0001 | MTC-00025109
Shears, Jacquelline and Leslie R. | 0001 | MTC-00026915
Shed | 0001 | MTC-00009077
Shede, Gary | 0001 | MTC-00025530
Sheehan, Dave | 0001 | MTC-00000754
Sheehan, David | 0001 | MTC-00012238
Sheehan, David | 0001 | MTC-00029223
Sheehan, Jack | 0001 | MTC-00011608
Sheehan, Jack | 0002 | MTC-00026729
Sheehan, Joseph | 0001 | MTC-00022189
Sheehan, Kevin | 0002 | MTC-00032276
Sheehan, Patrick | 0001 | MTC-00013341
Sheehy, Mike | 0001 | MTC-00021490
Sheenada | 0001 | MTC-00000738
Sheer, Vickie | 0001 | MTC-00027772
Sheesley, Michael | 0001 | MTC-00020433
Sheets, Dona | 0001 | MTC-00029165
Sheffer, Eric | 0002 | MTC-00015728
Sheffer, Stuart | 0001 | MTC-00003329
Sheffer, Vincent | 0001 | MTC-00003539
Sheffert, Kenneth | 0001 | MTC-00032572
Shefrin, Sanfrid | 0001 | MTC-00009318
sheila.a1travel@ wspan.com | 0001 | MTC-00014549
Sheiman, David | 0001 | MTC-00000680
Shekerjian, Onnie | 0002 | MTC-00027810
Shekhawat, Ajay | 0001 | MTC-00015149
Shelby, Harold | 0001 | MTC-00026849
Shelby, Cynthia | 0001 | MTC-00017789
Sheldon, Steve | 0001 | MTC-00011041
Sheldon, Steve | 0001 | MTC-00000544
Sheley, Todd | 0001 | MTC-00021920
Shelgren, Robert N. | 0002 | MTC-00013473
Shell, Elliot | 0001 | MTC-00006893
shell.net.nzadmin | 0001 | MTC-00025227
Sheller, Tom | 0002 | MTC-00008836
Shelly, Jeff | 0001 | MTC-00003824
Shelton, Carol | 0001 | MTC-00022829
Shelton, Ken | 0001 | MTC-00005461
Shelton, Michael W. | 0002 | MTC-00004792
Shelton, Ray | 0001 | MTC-00008556
Shelton, Robert | 0001 | MTC-00002835
Shelton, Robert and Linda | 0001 | MTC-00026709
Shelton, Terrence E. | 0001 | MTC-00004515
Shelts, Robert | 0002 | MTC-00029560
Shemano, David | 0002 | MTC-00016634
Shen, Marg Euyang | 0001 | MTC-00011333
Shen, Mary | 0001 | MTC-00003540
Shen, Mary Euyang | 0001 | MTC-00000733
Shen, Mary Euyang | 0002 | MTC-00005173
Shenassa, Samrod | 0002 | MTC-00025527
Shenefiel, Chris | 0001 | MTC-00016245
Shenk, Robert | 0001 | MTC-00029366
Shenk, Ronald | 0002 | MTC-00024305
Sheoner, Andrew | 0003 | MTC-00023962
Shepard, Alex | 0001 | MTC-00017484
Shepard, C. D. | 0001 | MTC-00014012
Shepard, C.D. | 0001 | MTC-00014120
Shepard, Keith | 0001 | MTC-00006063
Shepard, Marilyn | 0001 | MTC-00022095
Shepard, Mark | 0001 | MTC-00016178
Shepard, Monica | 0001 | MTC-00022086
Sheperd, Darren | 0001 | MTC-00005041
Shephard, Eric | 0001 | MTC-00001353
Shephard, Kent L. | 0001 | MTC-00004761
Shepherd, John | 0001 | MTC-00006089
Shepherd, Matt | 0002 | MTC-00024082
Shepherd, Steven | 0001 | MTC-00033325
Shepherd, William | 0001 | MTC-00022143
Shepherd, William R. | 0001 | MTC-00003903
Sheppard, John | 0001 | MTC-00022539
Sheppard, Mark | 0001 | MTC-00012352
Sheppard, Richard | 0001 | MTC-00012852
Sher, Brett | 0001 | MTC-00001256
Sher, Brett | 0001 | MTC-00014264
Sher, Lawrence | 0001 | MTC-00009051
Sher, Van | 0002 | MTC-00012664
Sheri | 0001 | MTC-00006087
Sheridan, Flash | 0001 | MTC-00005276
Sheridan, Flash | 0001 | MTC-00026368
Sheridan, Robert | 0002 | MTC-00031051
Sheridan, Susan | 0001 | MTC-00032389
Sheridan, Susan | 0001 | MTC-00008993
Sherkus, Phyllis L | 0001 | MTC-00012328
Sherlock, Ruth | 0001 | MTC-00023390
Sherman, Aaron | 0001 | MTC-00024616
Sherman, Betty | 0001 | MTC-00006138
Sherman, Bill | 0001 | MTC-00009294
Sherman, Dennis | 0001 | MTC-00020659
Sherman, Douglas | 0001 | MTC-00022615
Sherman, Joseph M. | 0001 | MTC-00010760
Sherman, Ken | 0001 | MTC-00002089
Sherman, Ken | 0001 | MTC-00009880
Sherman, Kenneth | 0001 | MTC-00030974
Sherman, Michael | 0001 | MTC-00015388
Sherman, Robert | 0001 | MTC-00004922
Sherman, Roger | 0001 | MTC-00028865
Sherman, Roger L. | 0001 | MTC-00030495
Sherman999@ aol.com | 0001 | MTC-00008266
Sheron, Ed | 0001 | MTC-00001369
sheronvanta@ everstkc.net | 0001 | MTC-00020938
Sherrell, Lee | 0002 | MTC-00020580
Sherrell, Lee | 0001 | MTC-00008597
Sherrill, Don | 0001 | MTC-00006286
Sherris, William | 0001 | MTC-00012651
Sherris, William | 0001 | MTC-00020905
Sherry, Stephen | 0001 | MTC-00023700
Shervey, Paul D. | 0002 | MTC-00028534
Sherwick, Steve | 0001 | MTC-00015911
Sherwood, Clayton | 0001 | MTC-00005251
Sherwood, Don | 0001 | MTC-00007180
Sherwood, Steve | 0001 | MTC-00014198
Sherwood, Stuart | 0001 | MTC-00027124
Sheryl, Sheryl | 0001 | MTC-00022676
Sheterom, Samuel G | 0001 | MTC-00012689
Sheteron, Samuel | 0001 | MTC-00009481
Shibilski, Kevin | 0001 | MTC-00031972
Shick, Kenneth | 0001 | MTC-00030358
Shields, Doris H. | 0001 | MTC-00012438
Shields, Joseph | 0002 | MTC-00009307
Shiffer, Jason L. | 0001 | MTC-00016164
shiftleit@ specialtytrans.com | 0001 | MTC-00024266
Shih, Andy | 0002 | MTC-00018079
Shikli, Peter | 0003 | MTC-00005240
Shilcany, Joseph M. | 0001 | MTC-00007824
Shiller, Robert N. | 0001 | MTC-00004752
Shillinger, Ricky | 0001 | MTC-00023451
Shillinger, Ricky | 0001 | MTC-00023452
Shimberg, Myrna-Sue | 0001 | MTC-00031370
Shimkus, Stanley | 0001 | MTC-00014801
Shimkus, Stanley J. | 0001 | MTC-00008809
Shimono, Ronald | 0001 | MTC-00023687
Shimono, Ronald | 0001 | MTC-00010165
Shimono, Yosh | 0001 | MTC-00006623
Shin, Meena | 0001 | MTC-00013813
Shin, Sangchul | 0001 | MTC-00010566
Shindorf, Diana | 0001 | MTC-00001460
Shiner, Andrew | 0001 | MTC-00028964
Shiner, Randy | 0001 | MTC-00022733
Shinholt, Rex | 0001 | MTC-00012200
Shinn, Phil | 0001 | MTC-00014650
Shinners, Pete | 0001 | MTC-00022376
shinpou@ clubaa.com | 0001 | MTC-00027462
Shiplett, Michael | 0001 | MTC-00023651
Shipley, Matt | 0001 | MTC-00002691
Shipley, Tom | 0001 | MTC-00005136
Shipley, William | 0001 | MTC-00002268
Shipman, Anthony | 0001 | MTC-00005328
Shipman, Anthony | 0001 | MTC-00012588
Shipos, Dan | 0001 | MTC-00013495
Shipp, Bryan D. | 0003 | MTC-00029511
Shirazi, Arild | 0001 | MTC-00013590
Shirely, Jennifer | 0001 | MTC-00023187
Shireng, John | 0001 | MTC-00016619
Shirey, Karen | 0001 | MTC-00033670
Shirk, Brian | 0001 | MTC-00017863
Shirk, Cheryl | 0001 | MTC-00011927
Shirk, Loren | 0001 | MTC-00025370
Shirley, Larry | 0001 | MTC-00006001
Shirley, Robert | 0001 | MTC-00012610
Shirley, Shirley | 0001 | MTC-00026460
Shlapak, David | 0001 | MTC-00014707
Shneiderman, Ben | 0002 | MTC-00004829
Shock, Brian | 0001 | MTC-00000918
Shockey, Bill | 0001 | MTC-00023814
Shockley, Daniel A. | 0001 | MTC-00001229
Shockley, Steve | 0001 | MTC-00028488
Shoemaker, Dick | 0001 | MTC-00022625
Shoemaker, Jean | 0001 | MTC-00004807
Shoemaker, Kent | 0002 | MTC-00031161
Shoemaker, Yvonne | 0001 | MTC-00013259
Shoeman, Stanley | 0001 | MTC-00007841
Shoeman, Stanley | 0002 | MTC-00011700
Shofstall, James | 0001 | MTC-00020395
Shokah-Alai, Davar | 0001 | MTC-00011635
Sholes, Joshua D. | 0001 | MTC-00021666
Shomphe, Matt | 0001 | MTC-00002159
Shoner, Joel | 0001 | MTC-00002122
Shook, Jennie | 0001 | MTC-00012431
Shook, Joseph | 0001 | MTC-00031162
Shook, Karen | 0001 | MTC-00024269
Shook, Kathleen | 0001 | MTC-00031692
Shook, Ray | 0001 | MTC-00013147
Shooner, John | 0001 | MTC-00031719
Shoop, Joe | 0001 | MTC-00003656
Short, Al | 0001 | MTC-00008600
Short, David and Lisa | 0001 | MTC-00023933
Short, David and Lisa | 0001 | MTC-00033404
Short, Georgia R. | 0001 | MTC-00031382
Short, James | 0001 | MTC-00032558
Short, Rob | 0002 | MTC-00001397
Short, Robert | 0001 | MTC-00025810
Shortridge, Doublas | 0001 | MTC-00024790
Shoshitaishvvili, Yan | 0001 | MTC-00027526
Shostack, Adam | 0001 | MTC-00010267
Shotts, William | 0001 | MTC-00025845
Shotwell, Frank | 0001 | MTC-00016420
Shouery, Marwan | 0001 | MTC-00005448
Shoup, Jay | 0001 | MTC-00003215
Shouse, Lee | 0002 | MTC-00003489
Shouse, Richard | 0001 | MTC-00006453
Showalter, Bradley | 0001 | MTC-00016298
Showalter, Bran | 0002 | MTC-00028550
Showalter, Brian | 0001 | MTC-00030013
Showen, David | 0001 | MTC-00021405
Shown, Dan | 0001 | MTC-00019209
Shrack, Greg | 0002 | MTC-00018133
Shrader, Jameo E. | 0001 | MTC-00005662
Shreve, Mike | 0001 | MTC-00008886
Shreve, Ted | 0001 | MTC-00009178
Shriver, Scott | 0002 | MTC-00028350
Shrorm, Cebert W. | 0001 | MTC-00025514
Shrum, Cebert W. | 0001 | MTC-00027218
Shryer, Paul | 0001 | MTC-00027453
Shryer, Paul | 0001 | MTC-00033542
Shubert, William | 0002 | MTC-00017770
Shubs, Howard S. | 0001 | MTC-00018322
Shuck, Jason | 0001 | MTC-00012899
Shue, Ron | 0001 | MTC-00000124
Shuey, Crystal | 0001 | MTC-00024817
Shuey, edward | 0001 | MTC-00030160
Shufelt, J. Ray | 0001 | MTC-00029657
Shuga, Beryl | 0002 | MTC-00032155
Shukle, Carol | 0001 | MTC-00010471
Shulamit | 0001 | MTC-00024695
Shulan, David | 0001 | MTC-00005129
Shuler, Robert | 0002 | MTC-00000425
Shuler, Steven | 0001 | MTC-00012947
Shultz, David | 0002 | MTC-00017896
Shultz, Jeff | 0001 | MTC-00002071
Shultz, Walter | 0002 | MTC-00033680
Shuman, Jay | 0001 | MTC-00003428
Shumate, Brenda | 0001 | MTC-00009412
Shumate, Clif and Helen | 0002 | MTC-00029119
Shumate, Lincoln | 0001 | MTC-00000631
Shumber, Anthony | 0001 | MTC-00010206
Shupe, Jason | 0001 | MTC-00017499
Shupp, Mike | 0001 | MTC-00018259
Shupper, Thomas | 0001 | MTC-00023177
Shuren, Richard | 0001 | MTC-00013593
Shurts, Russell | 0001 | MTC-00017524
Shuster, Andrew | 0001 | MTC-00000096
Shuster, Glenn | 0001 | MTC-00024558
Shutes, Fredda | 0001 | MTC-00011859
Shuvalov, Andrew | 0001 | MTC-00017742
Shvey, Jeff | 0002 | MTC-00025429
Shvey, Michael | 0002 | MTC-00027743
Shwake, Raymond | 0001 | MTC-00028473
Shyn, Tony | 0001 | MTC-00030017
Sibley, Carol Morse | 0001 | MTC-00029997
Sicann@ attbi.com | 0001 | MTC-00014663
Sicard, Price | 0001 | MTC-00023707
Siciliano, Mike | 0001 | MTC-00029515
Sickel, Jeff | 0001 | MTC-00019463
Sickenberger, William | 0001 | MTC-00006477
Sickenger, Ralph | 0002 | MTC-00009659
Sidbury, Jennifer | 0001 | MTC-00030055
Siddalingaiah, Prashanth | 0002 | MTC-00018144
Siddoway, Derick | 0001 | MTC-00025108
Sidis, Sam and Shirley | 0001 | MTC-00008825
Sidler, Paul | 0001 | MTC-00010384
Sidman, BRadley | 0001 | MTC-00027265
Sidner, Sid | 0001 | MTC-00009170
Sieber, Barney | 0001 | MTC-00022057
Siebet, Doug | 0004 | MTC-00009707
Siebold, Edward | 0001 | MTC-00014170
Siedlecki, Mark A. | 0002 | MTC-00000064
Sieg, Nolan | 0001 | MTC-00007125
Sieg, Randolph | 0001 | MTC-00022004
Siegel, David | 0001 | MTC-00006658
Siegel, Janet | 0001 | MTC-00031439
Siegmann, Joseph M. | 0001 | MTC-00016360
Siekel, Mike | 0001 | MTC-00025932
Sielaff, Steve | 0001 | MTC-00020612
Siemans, Daniel | 0001 | MTC-00014815
Siemens, Joyce | 0001 | MTC-00011328
Siemer, Dale | 0001 | MTC-00020173
Sienko, Matthew | 0003 | MTC-00017487
Sievers, George | 0001 | MTC-00001318
Sifnotis, Chris | 0001 | MTC-00026380
Sightsaver@ aol.com | 0001 | MTC-00028997
Siglar, Jamie | 0002 | MTC-00016792
Sigle, Tracey | 0001 | MTC-00012176
Sigle, Tracey | 0001 | MTC-00009660
Sigler, Diann | 0001 | MTC-00023254
Sigman, Linda | 0001 | MTC-00008013
signerector@ hotmail.com | 0001 | MTC-00010333
Signorile, Bill and Kathy | 0001 | MTC-00021222
Signorile, William | 0001 | MTC-00012279
Sigtermans, Carole | 0001 | MTC-00011868
Sihnott, Adrien P. | 0001 | MTC-00026986
Sihnott, Steve | 0002 | MTC-00021571
SIIA-Software and Information Industry Association | 0068 | MTC-00030614
Siino, John | 0001 | MTC-00019278
Sikand, Shivinder | 0001 | MTC-00003613
Silberstein, Nick | 0001 | MTC-00018386
Silesky, Steve | 0001 | MTC-00006297
Sills, David | 0002 | MTC-00021930
Silton, Rick | 0001 | MTC-00017554
Silva, Ed | 0001 | MTC-00017073
Silva, Fernando | 0001 | MTC-00013185
Silva, Mary | 0001 | MTC-00009926
Silva, Mike | 0001 | MTC-00033110
Silva, Peter | 0004 | MTC-00004992
Silva, Rita F. | 0001 | MTC-00012077
Silva, Scott | 0001 | MTC-00002859
Silva, Tony | 0001 | MTC-00001799
Silva, Tony | 0001 | MTC-00026613
Silveira, Ruth | 0001 | MTC-00001374
Silveira, Ruth | 0001 | MTC-00010104
Silveira, Ruth | 0001 | MTC-00011892
Silver, Geoffrey M. | 0003 | MTC-00016793
Silver, John | 0001 | MTC-00017375
Silver, Joshua | 0001 | MTC-00019118
Silver, Phoenix | 0001 | MTC-00010003
Silver, Russell | 0001 | MTC-00020278
Silvera, Robert | 0001 | MTC-00018250
Silverberg, Albert | 0001 | MTC-00006653
Silverman, Alex | 0002 | MTC-00014437
Silverman, Elliot | 0001 | MTC-00007286
Silverman, Jeff | 0002 | MTC-00002906
Silverman, Mike | 0001 | MTC-00015648
Silverman, Stanley | 0001 | MTC-00018832
SIlvert, Sam | 0001 | MTC-00015929
Silvestre, Alina G. | 0002 | MTC-00006262
Silvis, Andrew | 0001 | MTC-00014844
Silvis, Don | 0001 | MTC-00015360
Simas, JJ | 0001 | MTC-00026544
Sime, Lloyd | 0001 | MTC-00030165
Simerson, Matt | 0002 | MTC-00016368
Siminitz, Tad | 0002 | MTC-00003162
Simkatis, Anne and Alan | 0001 | MTC-00008946
Simke, Jack | 0002 | MTC-00003537
Simke, Jack | 0002 | MTC-00030666
Simko, Mary | 0001 | MTC-00022949
Simkowitz, Howard | 0001 | MTC-00023515
Simmenroth, Holly | 0001 | MTC-00005687
Simmers, Larry | 0002 | MTC-00000339
Simmonds, Muriega | 0001 | MTC-00016819
Simmons, Craig | 0001 | MTC-00001705
Simmons, Edward A. | 0001 | MTC-00026972
Simmons, Elinor | 0001 | MTC-00022336
Simmons, Frances | 0001 | MTC-00015096
Simmons, Fred | 0001 | MTC-00008861
Simmons, Jerry | 0001 | MTC-00007991
Simmons, John R. | 0001 | MTC-00008755
Simmons, Josh | 0001 | MTC-00017618
Simmons, Judy J. | 0001 | MTC-00010117
Simmons, Lance | 0001 | MTC-00018745
Simmons, Robert | 0001 | MTC-00019388
Simmons, Robert | 0001 | MTC-00022929
Simmons, Roy | 0001 | MTC-00029133
Simmons, Thomas | 0001 | MTC-00033015
Simms, Mark | 0001 | MTC-00001004
Simo, Leonard | 0001 | MTC-00014699
Simoes, Chris | 0001 | MTC-00018587
Simon, Aram | 0001 | MTC-00021537
Simon, Casey | 0001 | MTC-00028644
Simon, Darrell | 0003 | MTC-00025816
Simon, Josh | 0001 | MTC-00015690
Simon, Paul G. | 0001 | MTC-00032042
Simon, Thomas J. | 0001 | MTC-00010631
Simoncini, Kenneth | 0001 | MTC-00031328
Simonds, Nicolas | 0001 | MTC-00017080
Simonds, Wes | 0001 | MTC-00001278
Simone, Cal | 0001 | MTC-00002299
Simoneau, Linda | 0001 | MTC-00005750
Simons, James Edward | 0001 | MTC-00025772
Simons, Nathan | 0001 | MTC-00016816
Simons, Paul | 0001 | MTC-00014183
Simons, Paul | 0001 | MTC-00020911
Simonsen, Wanda | 0001 | MTC-00009674
Simonson, Curtis | 0001 | MTC-00016163
Simonson, Janet | 0001 | MTC-00032883
Simpkinson, Doug | 0001 | MTC-00017135
Simplicio, Tvalla | 0002 | MTC-00028339
Simpson, Allie | 0001 | MTC-00009979
Simpson, David | 0001 | MTC-00013619
Simpson, Howard | 0001 | MTC-00005496
Simpson, Jason | 0001 | MTC-00002838
Simpson, Jason | 0001 | MTC-00017662
Simpson, John | 0001 | MTC-00031912
Simpson, Joseph | 0001 | MTC-00005296
Simpson, Lary | 0001 | MTC-00005587
Simpson, Michael | 0001 | MTC-00003660
Simpson, Mike | 0001 | MTC-00016736
Simpson, Nancy | 0001 | MTC-00009754
Simpson, Ned | 0001 | MTC-00013072
Simpson, Payne | 0002 | MTC-00016987
Simpson, Randy | 0001 | MTC-00000394
Simpson, Robert | 0002 | MTC-00011282
Simpson, Sean | 0002 | MTC-00019496
Simpson, Stuart | 0001 | MTC-00027440
Simpson, Tom | 0001 | MTC-00027326
Simpson, William | 0002 | MTC-00033184
Sims, Brian | 0001 | MTC-00031854
Sims, Jeanne | 0001 | MTC-00005973
Sims, Mozelle | 0001 | MTC-00007382
Sinasohn, Roger | 0001 | MTC-00018024
Sinclair, Chris | 0001 | MTC-00032696
Sinclair, Janet | 0001 | MTC-00003031
Singer, Doug | 0001 | MTC-00008925
Singer, Jed | 0001 | MTC-00014453
Singer, Jonathan | 0001 | MTC-00030711
Singer, Jonathon | 0001 | MTC-00030718
Singer, Paul | 0003 | MTC-00029502
Singer, Paulette | 0001 | MTC-00025437
Singer, Steve | 0001 | MTC-00029019
Singh, Niringan | 0001 | MTC-00014949
Singh, Raj | 0002 | MTC-00019221
Singh, Rohit | 0001 | MTC-00019759
Singh, Rottit | 0001 | MTC-00019778
Singh, Suji | 0001 | MTC-00005237
Singletary, Bradey A. | 0001 | MTC-00025586
Sipe, Maynard | 0002 | MTC-00029087
Sipes, Elaine | 0001 | MTC-00008307
Sipes, Kevin | 0002 | MTC-00032518
Sipin, Mike | 0001 | MTC-00003976
Sipin, Rich | 0001 | MTC-00016213
Sipkes, Gus | 0001 | MTC-00031459
Sirianni, Joseph | 0001 | MTC-00007325
Sirignano, Robert | 0001 | MTC-00009948
Sirkin, Alan | 0001 | MTC-00008326
Sirkin, Bert | 0001 | MTC-00030455
Sirmon, Gary | 0001 | MTC-00003623
Sirvatka, W. E. | 0001 | MTC-00006110
Sirvatka, W.E. | 0001 | MTC-00013820
Sisk, Phyllis | 0001 | MTC-00032708
Sislow, Joe | 0001 | MTC-00016829
Sisolak, Andrew | 0001 | MTC-00008607
Sisson, Allen | 0001 | MTC-00030514
Sisson, Kevin | 0001 | MTC-00015796
SistoKid1@ aol.com | 0001 | MTC-00005831
Sitcer, Jill | 0001 | MTC-00010698
Sith, Lord | 0001 | MTC-00004702
Sitoyen, Joseph | 0001 | MTC-00013415
Sitterle, Mark | 0001 | MTC-00029135
Sitton, Wayne | 0001 | MTC-00001901
Sitze, Kevin | 0001 | MTC-00021781
sitzman@ upstel.net | 0001 | MTC-00014546
Siu, Norman | 0001 | MTC-00020111
Sivasailam, Natarajan | 0001 | MTC-00000178
Six, Scirocco M. | 0001 | MTC-00018795
sixkidsb@ aol.com | 0001 | MTC-00017219
Sjouwerman, Stv | 0001 | MTC-00011792
sjsgrs@ iowatelecom.net | 0001 | MTC-00014326
Skagen, Ruthella | 0001 | MTC-00012837
Skaggs, Ronald | 0001 | MTC-00030025
Skakle, Sybil | 0001 | MTC-00025310
Skallas, Mike | 0001 | MTC-00015332
Skan, Lester | 0002 | MTC-00014744
Skarstrom, Alerik W. | 0001 | MTC-00020005
Skeeling@ nedcheek.net | 0001 | MTC-00014667
skeeling@ redrreek.et | 0001 | MTC-00024296
Skeem, Christian | 0001 | MTC-00025961
Skele, Kermit | 0001 | MTC-00031275
Skeppstrom, Richard | 0001 | MTC-00033475
Skerik, Joe | 0001 | MTC-00026630
Skezas, Geoge | 0001 | MTC-00009344
Skibba, Roberta | 0001 | MTC-00025323
Skidmore, David | 0002 | MTC-00032295
Skidmore, Nancy and Dennis | 0002 | MTC-00031543
Skidmore, Thomas | 0001 | MTC-00022802
Skiermont, Frank | 0001 | MTC-00032761
Skillern, Cherie L. | 0002 | MTC-00002783
Skinn, David | 0002 | MTC-00031409
Skinn, Wilbert | 0001 | MTC-00032607
Skinner, Carolyn & Rodger | 0003 | MTC-00030242
Skinner, Dan | 0001 | MTC-00020645
Skinner, Dan | 0001 | MTC-00020665
Skinner, Dennis | 0001 | MTC-00000684
Skinner, Jim | 0001 | MTC-00020716
Skinner, Steve | 0001 | MTC-00006689
Skinner, Steve | 0001 | MTC-00018612
Skinner, Steve | 0001 | MTC-00027595
Skinner, Steve | 0001 | MTC-00009161
Skinner, Suzanne | 0002 | MTC-00004568
Skinner, Suzanne B. | 0002 | MTC-00008273
Skinner, Tom | 0002 | MTC-00027879
Skipper, Anthony | 0001 | MTC-00017056
Skipper, Steve | 0002 | MTC-00010641
Sklar Instruments | 0001 | MTC-00001862
Sklarhoff | 0001 | MTC-00031118
Skoag, Ron | 0001 | MTC-00022913
Skoglund, Doug | 0008 | MTC-00032921
Skora, Michael | 0002 | MTC-00019870
Skorvoski, Frank | 0001 | MTC-00015221
Sky, Beverly | 0001 | MTC-00008181
Skye, Peter | 0002 | MTC-00003253
Slack, Scott | 0001 | MTC-00029220
Slack, Scott | 0001 | MTC-00003840
Slack, Walter | 0001 | MTC-00033714
Slagel, Garret | 0001 | MTC-00025521
Slagle, Grant | 0001 | MTC-00025525
Slagle, James | 0001 | MTC-00023066
Slagle, Paul | 0001 | MTC-00025516
Slagle, Paul | 0001 | MTC-00025505
Slason, Jessica | 0001 | MTC-00019426
Slass, Michael | 0001 | MTC-00018457
Slate, Bob | 0002 | MTC-00000273
Slater, Donald | 0002 | MTC-00032466
Slater, Hart | 0001 | MTC-00009923
Slater, John | 0001 | MTC-00020677
Slater, Steve | 0001 | MTC-00004028
Slatin, A. | 0002 | MTC-00033292
Slatton, Traci | 0002 | MTC-00033578
Slaughter, Elizabeth | 0001 | MTC-00027195
Slavador, Tom | 0001 | MTC-00008969
Slavicek, Larry | 0001 | MTC-00012798
Slayton, Gregory | 0002 | MTC-00005010
Slayton, Gregory | 0001 | MTC-00008119
Slayton, Gregory | 0001 | MTC-00011378
Slayton, Gregory | 0001 | MTC-00013411
Slayton, Gregory | 0001 | MTC-00014374
Slayton, Gregory | 0001 | MTC-00010985
Slayton, Gregory | 0001 | MTC-00015619
Slayton, Marina | 0001 | MTC-00010619
Slayton, Marina | 0001 | MTC-00010620
Slayton, Marshall | 0001 | MTC-00016071
Slayton, Marshall | 0001 | MTC-00024106
Slayton, Melvin | 0001 | MTC-00022053
Sledge, Dwight | 0001 | MTC-00002861
Slettenhaar, Henri | 0001 | MTC-00022171
Slifka, Gearld | 0001 | MTC-00029670
Slipko, Gordon Sr. | 0001 | MTC-00027901
Sliwinski, Ian | 0001 | MTC-00022953
Sloan, Joseph | 0001 | MTC-00018782
Slobe, Gerry J. | 0002 | MTC-00005115
Slocum, Allan | 0001 | MTC-00019528
Slocum, Samuel | 0001 | MTC-00021095
Slomka, John | 0001 | MTC-00023821
Slosser, Eric | 0001 | MTC-00002379
Slotscraps@ aol.com | 0001 | MTC-00009595
Slover, Robert | 0004 | MTC-00003749
Sloyer, David | 0001 | MTC-00003343
Sluder, Diane | 0001 | MTC-00012992
Sluis, Adam | 0001 | MTC-00006851
Small, Don | 0001 | MTC-00014793
Small, Earl C. | 0001 | MTC-00002573
Small, John | 0001 | MTC-00019317
Small, Karen E. | 0001 | MTC-00010158
Small, Leonard | 0001 | MTC-00019547
Small, Olive K. | 0001 | MTC-00032011
Small, Rodger | 0001 | MTC-00008913
Small, Shiela | 0002 | MTC-00030649
Small, Vincent | 0001 | MTC-00005411
Smallman, Jim | 0001 | MTC-00005748
Smallwood, Ed | 0001 | MTC-00005368
Smallwood, Edward K. | 0001 | MTC-00023131
Smallwood, Michael | 0001 | MTC-00021539
Smarsh, Tom | 0001 | MTC-00005524
Smart-Gill, Dickon | 0001 | MTC-00005632
Smead, David | 0001 | MTC-00002934
Smego, Mary Ann S. | 0001 | MTC-00031487
Smegregr@ swbell.net | 0001 | MTC-00012739
Smelcer, kenneth | 0001 | MTC-00017758
Smelters, Diana | 0001 | MTC-00017981
Smethells, Greg | 0001 | MTC-00025097
Smetter, Daniel J. | 0001 | MTC-00030798
Smiddy, Chad | 0001 | MTC-00029491
Smidt, V. Anne | 0001 | MTC-00032377
Smilanich, Jim | 0001 | MTC-00009776
Smiley, Lloyd | 0002 | MTC-00005842
Smiley, LLoyd | 0001 | MTC-00025340
smiller@ tulsa.net | 0001 | MTC-00014579
Smiroldo, Stephan | 0001 | MTC-00001504
Smit, Marilyn | 0001 | MTC-00020570
Smith Jr., Robert | 0001 | MTC-00032592
Smith, Jeff | 0001 | MTC-00005688
Smith, Adam | 0001 | MTC-00015760
Smith, Adam Christian | 0001 | MTC-00027939
Smith, Alison, N. | 0001 | MTC-00024735
Smith, Alvin C. | 0001 | MTC-00021675
Smith, Amanda L. | 0001 | MTC-00013485
Smith, Andre | 0001 | MTC-00024116
Smith, Andre | 0001 | MTC-00033416
Smith, Andrew | 0001 | MTC-00032546
Smith, Andrew T. | 0001 | MTC-00028899
Smith, Andy | 0001 | MTC-00005714
Smith, Ann | 0001 | MTC-00028541
Smith, Ann | 0001 | MTC-00028808
Smith, Arthur P. | 0002 | MTC-00003887
Smith, Audrey | 0001 | MTC-00008074
Smith, Barbara | 0001 | MTC-00010140
Smith, Bart | 0001 | MTC-00028286
Smith, Becky | 0001 | MTC-00009652
Smith, Benjamin | 0002 | MTC-00000445
Smith, Benjamin | 0001 | MTC-00016556
Smith, Bertie | 0001 | MTC-00008248
Smith, Betty | 0001 | MTC-00012521
Smith, Bob | 0001 | MTC-00000896
Smith, Bob | 0003 | MTC-00028819
Smith, Brad | 0001 | MTC-00029296
Smith, Brad | 0002 | MTC-00026397
Smith, Brad | 0001 | MTC-00009300
Smith, Brad | 0001 | MTC-00015389
Smith, Brad | 0001 | MTC-00023377
Smith, Brent | 0001 | MTC-00009784
Smith, Brent | 0001 | MTC-00030444
Smith, Brian | 0001 | MTC-00013435
Smith, Brian | 0001 | MTC-00000107
Smith, Brian | 0001 | MTC-00001642
Smith, Calvin | 0001 | MTC-00014938
Smith, Calvin | 0001 | MTC-00003112
Smith, Charles | 0001 | MTC-00033819
Smith, Cheryl | 0001 | MTC-00023327
Smith, Chris | 0001 | MTC-00023567
Smith, Christopher | 0001 | MTC-00002374
Smith, Christopher | 0001 | MTC-00004733
Smith, Christopher A. | 0001 | MTC-00026543
Smith, Christopher Matthew | 0001 | MTC-00016149
Smith, Clay | 0001 | MTC-00005413
Smith, Clifton L. | 0001 | MTC-00007562
Smith, Connor | 0001 | MTC-00021879
Smith, Craig | 0001 | MTC-00021494
Smith, Crystal | 0001 | MTC-00024313
Smith, Crystal | 0001 | MTC-00031890
Smith, Daniel | 0001 | MTC-00022324
Smith, Daniel Mead | 0001 | MTC-00025413
Smith, Dave | 0001 | MTC-00014713
Smith, David | 0006 | MTC-00003286
Smith, David | 0001 | MTC-00005439
Smith, David | 0002 | MTC-00019311
Smith, David | 0001 | MTC-00020058
Smith, David | 0001 | MTC-00020809
Smith, David | 0001 | MTC-00020868
Smith, david | 0001 | MTC-00019814
Smith, David | 0001 | MTC-00016949
Smith, David | 0001 | MTC-00018339
Smith, David A. | 0001 | MTC-00007342
Smith, Don C. | 0001 | MTC-00013386
Smith, Donald | 0002 | MTC-00017556
Smith, Dorothy | 0001 | MTC-00010322
Smith, Doug | 0002 | MTC-00031305
Smith, Douglas | 0002 | MTC-00023212
Smith, Ed | 0001 | MTC-00029105
Smith, Edie | 0002 | MTC-00026025
Smith, Edward | 0001 | MTC-00012276
Smith, Eleanor | 0001 | MTC-00012361
Smith, Emma Jean | 0001 | MTC-00023488
Smith, Eric | 0001 | MTC-00004681
Smith, Eric | 0001 | MTC-00019009
Smith, Eric | 0001 | MTC-00003458
Smith, Eric J. | 0002 | MTC-00015382
Smith, Erik | 0001 | MTC-00020777
Smith, Eugene | 0001 | MTC-00020596
Smith, Frances B. | 0002 | MTC-00028513
Smith, Frank | 0001 | MTC-00007001
Smith, Franklin | 0001 | MTC-00021513
Smith, Fred | 0002 | MTC-00023216
Smith, Fred | 0001 | MTC-00006683
Smith, Fremont | 0001 | MTC-00029107
Smith, Gary | 0001 | MTC-00011499
Smith, George | 0001 | MTC-00016665
Smith, Georgia | 0001 | MTC-00005416
Smith, Gilbert J. | 0001 | MTC-00026673
Smith, God | 0001 | MTC-00030998
Smith, Gordon | 0001 | MTC-00022091
Smith, Greg | 0001 | MTC-00010805
Smith, Greg | 0001 | MTC-00031375
Smith, Gregory | 0001 | MTC-00000799
Smith, Gregory J. | 0001 | MTC-00004758
Smith, Irene | 0001 | MTC-00022501
Smith, Irving | 0001 | MTC-00032902
Smith, J oyce | 0001 | MTC-00029098
Smith, J. Lansing | 0001 | MTC-00022523
Smith, J. Marshall | 0002 | MTC-00023594
Smith, J. R. | 0001 | MTC-00030454
Smith, James | 0001 | MTC-00032888
Smith, James | 0002 | MTC-00024780
Smith, James | 0001 | MTC-00030566
Smith, James and WIllie | 0001 | MTC-00027061
Smith, James L. | 0001 | MTC-00031418
Smith, James R. | 0002 | MTC-00029562
Smith, James T. | 0001 | MTC-00001843
Smith, Jan | 0001 | MTC-00026058
Smith, Jane | 0001 | MTC-00012155
Smith, Jane | 0001 | MTC-00009930
Smith, Janet | 0002 | MTC-00011071
Smith, Jason | 0001 | MTC-00016843
Smith, Jason | 0001 | MTC-00022414
Smith, Jay | 0002 | MTC-00003420
Smith, Jean | 0001 | MTC-00006446
Smith, Jean | 0001 | MTC-00011752
Smith, Jean | 0001 | MTC-00011753
Smith, Jean-Michel | 0001 | MTC-00015864
Smith, Jeff | 0001 | MTC-00016438
Smith, Jeffrey | 0001 | MTC-00023440
Smith, Jeffrey | 0001 | MTC-00016928
Smith, Jeffrey | 0002 | MTC-00027798
Smith, Jeffrey | 0001 | MTC-00007421
Smith, Jennifer | 0001 | MTC-00026321
Smith, Jeremy | 0001 | MTC-00018908
Smith, Jerry | 0001 | MTC-00002895
Smith, Jim | 0001 | MTC-00000865
Smith, Jim | 0002 | MTC-00005282
Smith, Jim | 0001 | MTC-00021637
Smith, Jim | 0001 | MTC-00021947
Smith, Joan Peven | 0001 | MTC-00027838
Smith, Joe | 0002 | MTC-00022060
Smith, Joey | 0003 | MTC-00004573
Smith, John | 0001 | MTC-00010784
Smith, John | 0002 | MTC-00032226
Smith, John | 0001 | MTC-00020490
Smith, John and Virginia | 0001 | MTC-00005307
Smith, Joseph | 0001 | MTC-00024414
Smith, Joyce | 0001 | MTC-00006234
Smith, Julius | 0002 | MTC-00003720
Smith, Karl J. | 0001 | MTC-00028543
Smith, Kathleen | 0001 | MTC-00025689
Smith, Ken | 0001 | MTC-00012632
Smith, Ken | 0001 | MTC-00027475
Smith, Ken | 0001 | MTC-00003576
Smith, Ken | 0001 | MTC-00011169
Smith, Ken | 0001 | MTC-00012614
Smith, Ken | 0001 | MTC-00019780
Smith, Kenneth | 0001 | MTC-00014011
Smith, Kenneth | 0001 | MTC-00014005
Smith, Kevin | 0002 | MTC-00010001
Smith, Kevin | 0001 | MTC-00019672
Smith, Kevin | 0001 | MTC-00025247
Smith, Kevin | 0001 | MTC-00007445
Smith, Kevin | 0001 | MTC-00007640
Smith, Kevin | 0001 | MTC-00029871
Smith, Kirk | 0001 | MTC-00013984
Smith, Lance | 0001 | MTC-00023804
Smith, Lanny | 0002 | MTC-00004357
Smith, Larry | 0002 | MTC-00010209
Smith, Larry | 0001 | MTC-00003870
Smith, Laura | 0002 | MTC-00029517
Smith, Lee C. | 0001 | MTC-00024388
Smith, Lester L. | 0001 | MTC-00026001
Smith, Lois | 0001 | MTC-00007290
Smith, manfred | 0001 | MTC-00009091
Smith, Manfred | 0001 | MTC-00018685
Smith, Marie ALlen | 0001 | MTC-00025280
Smith, Mark | 0001 | MTC-00024728
Smith, Mary | 0001 | MTC-00009555
Smith, Mary Lou | 0002 | MTC-00031127
Smith, Mathis | 0001 | MTC-00013453
Smith, Matthew W. | 0001 | MTC-00033691
Smith, Michael | 0001 | MTC-00007207
Smith, Michael | 0001 | MTC-00015032
Smith, Michael E. | 0008 | MTC-00027577
Smith, Mike | 0002 | MTC-00004489
Smith, Mike | 0001 | MTC-00025484
Smith, Milo D. | 0001 | MTC-00006650
Smith, Mitchell | 0001 | MTC-00001173
Smith, Nathan | 0001 | MTC-00017164
Smith, Nathaniel | 0002 | MTC-00019653
Smith, Norma J. | 0001 | MTC-00030874
Smith, Norman | 0001 | MTC-00020669
Smith, Patrick L. | 0001 | MTC-00018222
Smith, Paul | 0001 | MTC-00004065
Smith, Paul | 0001 | MTC-00018588
Smith, Paul | 0001 | MTC-00021089
Smith, Paul | 0001 | MTC-00023727
Smith, Paul E. | 0001 | MTC-00001244
Smith, Pete | 0001 | MTC-00019756
Smith, Peter | 0001 | MTC-00017591
Smith, Peter | 0001 | MTC-00022419
Smith, Peter | 0001 | MTC-00018048
Smith, Peter F. | 0001 | MTC-00014752
Smith, Phil | 0001 | MTC-00000868
Smith, Phil | 0001 | MTC-00018738
Smith, Philip | 0001 | MTC-00021822
Smith, Ray | 0001 | MTC-00021921
Smith, Renee | 0001 | MTC-00011273
Smith, Rev. Samuel M. | 0001 | MTC-00010120
Smith, Rich | 0001 | MTC-00027825
Smith, Richard | 0001 | MTC-00029400
Smith, Robert | 0001 | MTC-00029063
Smith, Robert | 0002 | MTC-00004909
Smith, Robert | 0001 | MTC-00006544
Smith, Robert | 0001 | MTC-00028809
Smith, Robert | 0002 | MTC-00026290
Smith, Robert | 0002 | MTC-00032080
Smith, Robert Daniel | 0001 | MTC-00008980
Smith, Robert George | 0001 | MTC-00021651
Smith, Rod | 0002 | MTC-00016666
Smith, Rodney | 0002 | MTC-00000155
Smith, Rodney | 0002 | MTC-00001199
Smith, Rodney | 0003 | MTC-00001809
Smith, Rodney | 0001 | MTC-00017011
Smith, Ron | 0001 | MTC-00018961
Smith, Ron | 0001 | MTC-00025287
Smith, Ronny | 0001 | MTC-00017600
Smith, Roy | 0002 | MTC-00032298
Smith, Russell | 0001 | MTC-00031018
Smith, Ryan | 0001 | MTC-00016264
Smith, Sam | 0001 | MTC-00002954
Smith, Sherman | 0001 | MTC-00023078
Smith, Simon | 0001 | MTC-00000941
Smith, Stacy | 0001 | MTC-00001480
Smith, Stan | 0001 | MTC-00028781
Smith, Stanford | 0001 | MTC-00006294
Smith, Stephanie | 0002 | MTC-00033438
Smith, Stephen R. | 0001 | MTC-00006052
Smith, Steve | 0003 | MTC-00001089
Smith, Steve | 0001 | MTC-00033470
Smith, Steven | 0001 | MTC-00003567
Smith, Steven | 0001 | MTC-00030943
Smith, Steven M. | 0001 | MTC-00002992
Smith, Susan | 0001 | MTC-00008547
Smith, T. Clifford | 0002 | MTC-00030111
Smith, Terry | 0001 | MTC-00032674
Smith, Terry | 0001 | MTC-00021079
Smith, Tim | 0001 | MTC-00018080
Smith, Timothy | 0001 | MTC-00019076
Smith, Timothy D. | 0001 | MTC-00021130
Smith, Timothy L. | 0001 | MTC-00029435
Smith, Tom | 0001 | MTC-00019552
Smith, Torney | 0001 | MTC-00013112
Smith, Travis | 0001 | MTC-00006780
Smith, Troy | 0001 | MTC-00015797
Smith, Virginia | 0001 | MTC-00020822
Smith, Warren | 0001 | MTC-00029113
Smith, Wayne | 0001 | MTC-00016555
Smith, Wayne | 0001 | MTC-00004703
Smith, Wayne L. | 0001 | MTC-00028392
Smith, William | 0001 | MTC-00003324
Smith, William | 0001 | MTC-00003326
Smith, Win | 0001 | MTC-00013220
Smith-Bates, Jacqui | 0001 | MTC-00011974
smithersx3@ yahoo.com | 0001 | MTC-00011888
Smithson, Julie | 0001 | MTC-00032705
Smitter, John L. | 0001 | MTC-00001224
SMobley@ easystreet.com | 0001 | MTC-00002964
smodan@ msn.com | 0001 | MTC-00028586
Smolar, Tony | 0001 | MTC-00027682
Smothers, Randy | 0002 | MTC-00015898
Smuthy, Donald | 0001 | MTC-00024101
smyczpe@ auburn.edu | 0001 | MTC-00028654
Smyj, Matthew k> | 0001 | MTC-00021738
Smykay, Chad | 0001 | MTC-00022632
Smyth, LLoyd | 0001 | MTC-00026925
Smyth, Matthew | 0007 | MTC-00031623
Snead, Jerry D. | 0001 | MTC-00029091
Snedeker, Brad | 0001 | MTC-00000732
Sneidermeyer@ cob.org | 0001 | MTC-00004135
Snell, Bill | 0001 | MTC-00006697
Snelling, Dale | 0001 | MTC-00029039
Snellman, Roj | 0002 | MTC-00022050
Snelso, Everett | 0001 | MTC-00011945
Snelson, Everett | 0001 | MTC-00007279
Snepper, Filip | 0001 | MTC-00017577
Snider, Brian | 0001 | MTC-00029524
Snider, Scott | 0001 | MTC-00023827
Sniffen, Brian | 0001 | MTC-00017158
Snipe, Mark | 0002 | MTC-00029885
Snithson, Fraser | 0002 | MTC-00027708
Snitily, Mark W. | 0002 | MTC-00018791
Snively, John M. | 0001 | MTC-00025633
snjewins@ att.net | 0001 | MTC-00011313
Snodgrass, Glenda R. | 0002 | MTC-00010654
Snodgrass, Saeed | 0001 | MTC-00015530
Snodgrass, Tommy | 0001 | MTC-00004287
Snover, Steven | 0001 | MTC-00019464
Snow, Bob | 0001 | MTC-00026517
Snow, Linda P. | 0001 | MTC-00006319
Snow, Michael | 0001 | MTC-00031691
Snow, Paul | 0001 | MTC-00020103
Snow, Rodney | 0001 | MTC-00028939
Snow, William | 0001 | MTC-00022403
Snydal, Craig | 0001 | MTC-00003721
Snyder, Agatha | 0001 | MTC-00008989
Snyder, Ben | 0002 | MTC-00015171
Snyder, Charles | 0001 | MTC-00032686
Snyder, Dan | 0002 | MTC-00002113
Snyder, David | 0001 | MTC-00010727
Snyder, Dean | 0001 | MTC-00001605
Snyder, Erik | 0001 | MTC-00013560
Snyder, Erik | 0001 | MTC-00001878
Snyder, Gary | 0001 | MTC-00026503
Snyder, Gregory Ernst | 0001 | MTC-00014809
Snyder, Jim | 0003 | MTC-00027399
Snyder, Justin | 0001 | MTC-00002082
Snyder, Keith | 0001 | MTC-00023656
Snyder, Lorraine | 0001 | MTC-00018453
Snyder, Lorraine | 0001 | MTC-00025653
Snyder, Lorrane | 0001 | MTC-00023930
Snyder, Marvin | 0001 | MTC-00000979
Snyder, Mary L. | 0001 | MTC-00009048
Snyder, Matt | 0001 | MTC-00002886
Snyder, Matt | 0001 | MTC-00002887
Snyder, Nick | 0001 | MTC-00024646
Snyder, Peter | 0001 | MTC-00003603
Snyder, Raymond | 0001 | MTC-00033733
Snyder, Ronald | 0001 | MTC-00010215
Snyder, S. O. | 0003 | MTC-00030315
Snyder, Scott | 0001 | MTC-00003866
Soares, Donna | 0001 | MTC-00012245
Sobba, Rick | 0003 | MTC-00010706
Sobba, Rick | 0001 | MTC-00004453
Sobel, Jerome L. | 0001 | MTC-00008497
Sober, Jimmy | 0001 | MTC-00027290
Sobon, Robert | 0001 | MTC-00030750
Sobon, Robert | 0001 | MTC-00006073
Socci, Vincent J. | 0001 | MTC-00013013
Soccio, Matt | 0002 | MTC-00004221
Socha, Rudy | 0001 | MTC-00004934
Sockwell, Chip | 0002 | MTC-00016735
Soderstrom, Bjorn | 0001 | MTC-00026896
Sodey, Ryo | 0001 | MTC-00013197
Sodos, Steve | 0001 | MTC-00025173
Soeffing, Christopher | 0001 | MTC-00013469
Soegaard, Don | 0001 | MTC-00021195
Softguides | 0001 | MTC-00015139
Softky, William | 0001 | MTC-00019016
Software and Information Industry Association |  | MTC-00028449
Software, Opera | 0009 | MTC-00004963
Sogie, Adrianund, Fred | 0002 | MTC-00031079
Soh, Samuel | 0001 | MTC-00006425
Sohanchyk, Richard | 0001 | MTC-00000375
Soko@ kendaco.telebyte.com | 0001 | MTC-00028238
Sokol, Glenn | 0001 | MTC-00015462
Solaas, Hugh | 0001 | MTC-00005504
Solaas, Hugh | 0001 | MTC-00025900
Solar, Philip | 0001 | MTC-00005313
Solar, Philip | 0001 | MTC-00005354
Solberg, Chris | 0001 | MTC-00029209
Solcher, Daniel W. | 0001 | MTC-00025853
Soldwedel, Frank | 0002 | MTC-00033329
Sole, Joseph A. | 0001 | MTC-00030323
Soler, George | 0003 | MTC-00027085
Soler, George | 0002 | MTC-00031626
Solet, L. Thomas | 0001 | MTC-00000088
Solet, Thomas L. | 0001 | MTC-00032244
Solheim, Sharon | 0001 | MTC-00006991
Solid Force | 0001 | MTC-00019459
Solinskey, Jason W. | 0002 | MTC-00027580
Solis, Frank | 0001 | MTC-00021435
Soliz, Rosa | 0001 | MTC-00021861
Sollars, David | 0001 | MTC-00000730
Solnok, Tom | 0001 | MTC-00024650
Solo, Camas G. | 0001 | MTC-00030476
Solo, Lane McManus | 0001 | MTC-00029584
Solomon, C. | 0001 | MTC-00011497
Solomon, Dave | 0002 | MTC-00027598
Solomon, Gloria | 0001 | MTC-00010028
Solomon, Henry | 0001 | MTC-00026934
Solomon, Laura | 0001 | MTC-00003931
Solon, David | 0001 | MTC-00020706
Solorzano, Jorge E. | 0001 | MTC-00019682
Soltesz, Gaetan | 0001 | MTC-00015558
Soltis, Alan | 0001 | MTC-00023126
Soltys, Jamie | 0001 | MTC-00021458
Solum, Robert | 0001 | MTC-00023384
Solvarg, Arnie | 0003 | MTC-00028263
Solyan, James | 0001 | MTC-00022743
Soman, Kedouc | 0001 | MTC-00029334
Someonedead@ | 0001 | MTC-00009881
gods-heaven.com.
Somerville, Andy | 0002 | MTC-00018076
Somerville, Kathleen | 0001 | MTC-00012481
Sommer, Kim A. | 0001 | MTC-00000710
Somogyi, Andrew | 0001 | MTC-00013280
Somonini, Alessandro | 0001 | MTC-00025302
Somson, David and Cheryl | 0001 | MTC-00029628
Somu, Peter | 0001 | MTC-00017630
Son, Scha | 0001 | MTC-00029818
Son, Seha | 0001 | MTC-00024648
Sonchek, Steven | 0001 | MTC-00002857
Sondhi, Jay | 0001 | MTC-00007042
Sondhi, Jay | 0001 | MTC-00010987
Sone, Kenneth | 0001 | MTC-00029693
Sonnathi, Venkat | 0001 | MTC-00002635
Sonne, Byron | 0001 | MTC-00004216
Sonney, Kevin | 0001 | MTC-00016540
Sonnier Jr., Richard L. | 0002 | MTC-00028046
Sonnier, Joseph A. | 0001 | MTC-00026577
Sonnier, Richard D. | 0001 | MTC-00028318
Sonntag, Phil | 0002 | MTC-00025457
Sonstegard, John | 0001 | MTC-00013302
Sontag, Michael | 0002 | MTC-00030086
Sony Corporation | 0005 | MTC-00030605
Soos, Henry | 0001 | MTC-00031697
Sopchek, David | 0001 | MTC-00014610
Sophus@ earthlink.net | 0001 | MTC-00017281
Soprych, John | 0001 | MTC-00000228
Sorak, Richard | 0001 | MTC-00016851
Sorci, Linda | 0001 | MTC-00020546
Sorci, Linda | 0002 | MTC-00032269
Sorensen, Arlin | 0001 | MTC-00005040
Sorensen, Arthur | 0001 | MTC-00006284
Sorensen, Donna | 0001 | MTC-00031568
Sorenson, Rodger | 0001 | MTC-00010271
Sorger, Jonathan | 0002 | MTC-00027354
Sori, Robert | 0001 | MTC-00007926
Sorin | 0001 | MTC-00003118
Sorkin, Dan | 0001 | MTC-00005147
Sorokin-Altmann, Jedidiah | 0001 | MTC-00013165
Sorrell, Kurt | 0001 | MTC-00024056
Sorrell, Kurt | 0001 | MTC-00024051
Sorrells, Margaret | 0001 | MTC-00014729
Sorresso, Damien | 0003 | MTC-00001539
Sorresso, Damien | 0005 | MTC-00019922
Sosa, Miguel | 0002 | MTC-00000272
Sose, Kaiser | 0001 | MTC-00019997
Sosebeee, Diane | 0002 | MTC-00032521
Sosenko, John | 0002 | MTC-00025349
Sosenko, John | 0001 | MTC-00030525
Sosenko, John | 0002 | MTC-00025348
Sosnoski, Dennis | 0001 | MTC-00013144
Sosnoski, Dennis M. | 0003 | MTC-00022774
Sotillo-Hermoso, Samuel | 0001 | MTC-00011372
Souder, Brian | 0002 | MTC-00019967
Soukup, Kevin | 0003 | MTC-00022594
Soul, William | 0001 | MTC-00015404
Soulier, Frederic | 0001 | MTC-00004048
Soulsby, Mary | 0001 | MTC-00023410
Soussa, Ronald | 0001 | MTC-00011883
Soussa, Ronald | 0001 | MTC-00006980
South, Charles | 0004 | MTC-00000066
South, G. Franklin | 0001 | MTC-00012011
Southwell, Margaret | 0002 | MTC-00019627
Southwick, Cheryl | 0001 | MTC-00026971
Soutter, Robert D. and Aline | 0002 | MTC-00031384
Sowa, John | 0001 | MTC-00000785
Sowder, Cherry | 0001 | MTC-00023776
Sowell, Beverly Ann | 0001 | MTC-00011475
Sowell, Elon | 0001 | MTC-00013247
Sowell, Perry | 0002 | MTC-00033277
Sowerby, David | 0001 | MTC-00017448
Sowins, Ellen | 0001 | MTC-00012380
Soyars, Chuck | 0001 | MTC-00005793
Spacey@ attbi.com | 0001 | MTC-00028920
Spacher, Mark | 0002 | MTC-00026267
Spack, Jameo | 0001 | MTC-00004230
Spadaro, Anthony | 0001 | MTC-00019683
Spade3@ juno.com | 0001 | MTC-00013148
Spaeth, David C. | 0001 | MTC-00018459
Spaeth, Mark | 0002 | MTC-00032158
Spain, Mark | 0001 | MTC-00005903
Spain, Mark | 0001 | MTC-00023083
Spain, Steven J. | 0001 | MTC-00025975
Spalding, Mike | 0001 | MTC-00008830
Spaletto, Steven | 0002 | MTC-00027632
Spaller, David | 0002 | MTC-00032169
Spam, Spam, Spam | 0001 | MTC-00003677
Spangler, Jason | 0001 | MTC-00016227
Spangler, Mike | 0001 | MTC-00001137
Spangler, Ray G. | 0001 | MTC-00027432
Spani, Marco | 0001 | MTC-00011462
Spannus, Timothy W. | 0002 | MTC-00026497
Spark, Randy | 0001 | MTC-00003306
Sparkles, Salo | 0001 | MTC-00004189
Sparks, Bruce | 0001 | MTC-00009382
Sparks, Gary | 0001 | MTC-00000017
Sparks, Jeremy | 0001 | MTC-00016992
Sparks, Josh | 0001 | MTC-00009154
Sparks, Kathy | 0001 | MTC-00011730
Sparks, Marcia | 0001 | MTC-00010025
Sparks, R. Heller | 0001 | MTC-00031799
Sparks, Wayne | 0001 | MTC-00020525
Sparling, Dana | 0001 | MTC-00003170
Sparrevohn, Fred | 0001 | MTC-00007265
Sparrow, Issac | 0002 | MTC-00019534
Sparrow, Steve | 0001 | MTC-00009859
Spart, Kenneth Paul | 0001 | MTC-00023324
Spatz, Nanette | 0001 | MTC-00013886
Spaur, John | 0001 | MTC-00026473
Spbucj@ aol.com | 0001 | MTC-00008821
Spear, John | 0001 | MTC-00028838
Speare, Geoff | 0001 | MTC-00012775
Spearman, Jonathan | 0002 | MTC-00004242
Spearman, Jonathan | 0003 | MTC-00004896
Spears, Anthony | 0001 | MTC-00016809
Spears, Jesse | 0002 | MTC-00013055
Spears, Jesse | 0002 | MTC-00001672
Spears, Joan and Seymour | 0001 | MTC-00001165
Spears, Rod | 0001 | MTC-00022513
Spears, Todd | 0002 | MTC-00004013
Speck, Stephen | 0001 | MTC-00017148
Speckerman, Wendy | 0001 | MTC-00032617
Spector, David | 0002 | MTC-00015001
Spector, Norman | 0001 | MTC-00000609
Spedder, Rush H. | 0001 | MTC-00009074
speedy39@ attbi.com | 0001 | MTC-00017311
Speer, Eric | 0001 | MTC-00030818
Speer, Paul | 0002 | MTC-00011249
Speers, Daniel | 0001 | MTC-00027231
Speier, Guy | 0001 | MTC-00016081
Speigel, David | 0001 | MTC-00022508
Spellmon, Lance | 0001 | MTC-00011164
Spenard, Mike | 0001 | MTC-00015152
Spence, Charles | 0001 | MTC-00005653
Spence, Lane | 0001 | MTC-00013963
Spence, Ray | 0002 | MTC-00027517
Spencer Jr, Michael | 0001 | MTC-00015105
Spencer, Chris | 0001 | MTC-00029837
Spencer, Clark | 0001 | MTC-00030040
Spencer, Frank | 0001 | MTC-00012033
Spencer, Graham | 0001 | MTC-00014879
Spencer, Harvey | 0001 | MTC-00026351
Spencer, Joe | 0001 | MTC-00003557
Spencer, Ken | 0001 | MTC-00020646
Spencer, Kennard A. | 0001 | MTC-00033841
Spencer, Lee | 0001 | MTC-00003424
Spencer, Lee | 0001 | MTC-00004766
Spencer, Pamela | 0001 | MTC-00030181
Spencer, Pamela | 0001 | MTC-00030136
Spencer, Pamlea | 0001 | MTC-00028942
Spencer, Randy | 0001 | MTC-00022261
Spencer-Priebe, Steven | 0001 | MTC-00016948
Sperazza, Michael | 0001 | MTC-00001807
Sperdut, Armanol | 0002 | MTC-00031810
Spero, Mary | 0001 | MTC-00010996
Sperry, Jack | 0001 | MTC-00006662
Sperry, Jack | 0002 | MTC-00025694
Sperry, Jack Haretta | 0001 | MTC-00031104
Sperry, Max | 0001 | MTC-00030779
Spezzano, Louis | 0001 | MTC-00024883
Spicer, David | 0001 | MTC-00015043
Spicer, John | 0001 | MTC-00000923
Spicer, John H. | 0001 | MTC-00003827
Spicer, Marlene | 0001 | MTC-00023753
Spicer, Vernon | 0001 | MTC-00012987
Spicklemine, Gerald | 0002 | MTC-00003826
spider@ arachniplex.net | 0001 | MTC-00010468
Spie, Henry | 0001 | MTC-00006520
Spiegelberg, Eric | 0001 | MTC-00015726
Spielman, Karl | 0001 | MTC-00030106
Spielman, Martha | 0001 | MTC-00033436
Spielman, Martin | 0002 | MTC-00032141
Spielman, Martin | 0002 | MTC-00032484
Spies, Nicholas | 0002 | MTC-00001945
Spiesz, Kris | 0001 | MTC-00013482
Spiewak, Rick | 0001 | MTC-00027875
Spigelman, Alan | 0001 | MTC-00009206
Spilger, Philip G. | 0001 | MTC-00003901
Spilger, Philip G. | 0001 | MTC-00008297
Spilker, John | 0001 | MTC-00029114
Spillane, Sean | 0001 | MTC-00017952
Spillman, Garett | 0002 | MTC-00023513
Spinelli, David | 0001 | MTC-00020539
Spink, Tim | 0001 | MTC-00027919
Spinka, James and Jean | 0001 | MTC-00031750
Spinney, David | 0001 | MTC-00002075
Spires, Jeremiah B. | 0001 | MTC-00006267
Spires, Shannon | 0003 | MTC-00026187
Spires, Wendell | 0001 | MTC-00011379
Spirit@ hevanet.com | 0001 | MTC-00028709
Spisak, Jason | 0001 | MTC-00018538
Spisak, Jason | 0002 | MTC-00018544
Spittler, Doug | 0001 | MTC-00009838
Spitz, Cory | 0001 | MTC-00012612
Spitzer, Cameron | 0001 | MTC-00003100
Spivak, Igor | 0001 | MTC-00008669
Spochak, David | 0001 | MTC-00001192
Spoon, Becky | 0001 | MTC-00012861
Spooner, Richard | 0001 | MTC-00011548
Sporanza, Paul | 0005 | MTC-00028995
Sporleder, Richard | 0001 | MTC-00021940
sportsranch@ msn.com | 0001 | MTC-00028122
Spot@ draves.org | 0001 | MTC-00017818
Spots1078@ aol.com | 0001 | MTC-00021942
Spotswood, Robert | 0002 | MTC-00000604
Spotswood, Robert | 0001 | MTC-00019915
Spragens, Joy | 0001 | MTC-00006475
Sprague, Don | 0001 | MTC-00000653
Sprague, Michael | 0001 | MTC-00002878
Sprandel, Tim | 0001 | MTC-00013972
Spray, Stephen T. | 0001 | MTC-00010449
Spray, Stephen T. | 0001 | MTC-00010576
sprice@ hyperaction.net | 0001 | MTC-00028134
Spriggs, John | 0001 | MTC-00014824
Springer, Bob | 0002 | MTC-00026875
Springer, John | 0001 | MTC-00001269
Springer, John | 0001 | MTC-00001877
Springer, John | 0001 | MTC-00026953
Springer, Martin | 0001 | MTC-00006072
Springer, Michael | 0002 | MTC-00008141
Springman, Scott R. | 0001 | MTC-00006674
Springmeyer, Clifford | 0002 | MTC-00032191
Sprinkle, Greg | 0003 | MTC-00007654
Sprinkmeier, Thomas | 0002 | MTC-00001002
sprngrpat@ cox.net | 0001 | MTC-00021434
Sproat, John | 0001 | MTC-00021740
Sproat, John | 0001 | MTC-00013664
Sproul, Lawrence | 0001 | MTC-00004051
Sproule, Glenn | 0001 | MTC-00012137
Sprouse, David | 0001 | MTC-00031544
Spruill, Janice | 0001 | MTC-00020829
Spruill, Russell | 0001 | MTC-00025157
Spruill, Russell | 0001 | MTC-00026519
Spung, Rick | 0002 | MTC-00001061
Spurlock, Michael | 0001 | MTC-00017412
Spurr, Alfred E. | 0001 | MTC-00003946
Spurr, Greg | 0001 | MTC-00002480
Spurr, William | 0001 | MTC-00005315
Spyra, Bart | 0001 | MTC-00002883
Squire, Bill | 0001 | MTC-00004079
Squire, Kevin | 0002 | MTC-00019014
Squires, Connie | 0002 | MTC-00027322
Squires, Matt | 0004 | MTC-00014813
Srinivas, K. T. | 0001 | MTC-00014649
Srinivasan, Ganesh | 0001 | MTC-00030570
Srinivasan, Vikram | 0001 | MTC-00027043
Srivastava, Anand | 0001 | MTC-00016994
Srivastava, Anand | 0001 | MTC-00015044
Srivastava, Samir | 0002 | MTC-00027657
Srulowitz, Marvin | 0001 | MTC-00005990
ssirles@ csc.com | 0001 | MTC-00002514
SSL@ Tiac.net@ inetgw | 0002 | MTC-00019495
ssochor@ stny.rr.com | 0001 | MTC-00024275
Ssudha@ mail.humonc.wisc.edu | 0001 | MTC-00021979
St Clair, Douglas | 0001 | MTC-00003712
St-Pierre, Daniel | 0001 | MTC-00014960
St. Aise, Yaka | 0004 | MTC-00009709
St. Catherine, Steven | 0002 | MTC-00002174
St. Catherine, Steven | 0004 | MTC-00004813
St. Clair, Michael T. | 0001 | MTC-00031172
St. Claire, Veronica | 0001 | MTC-00007762
St. JEan, Patrick | 0002 | MTC-00017653
St. John, Bob | 0001 | MTC-00018157
St. John, C. Gus | 0001 | MTC-00008805
St. Louis, Robert | 0002 | MTC-00032850
St. Onge, Dorothy | 0001 | MTC-00009839
St. Onge, Eric | 0001 | MTC-00016531
St. Pierre, Jay | 0001 | MTC-00017848
St.Louis, Deanna | 0002 | MTC-00024514
Staats, Shane E. | 0001 | MTC-00027570
Stables, Vicky | 0001 | MTC-00028896
Stacey, Fred | 0001 | MTC-00012244
Stacey, Fred | 0001 | MTC-00006867
Stacey, Oliver | 0001 | MTC-00016923
Stachowiak, Deborah | 0001 | MTC-00005453
Stack, Dolores | 0001 | MTC-00020796
Stackhouse, Chris | 0001 | MTC-00010557
Stacy, Chris | 0002 | MTC-00001995
Stadelhofer, Scott | 0001 | MTC-00007208
Stadler, Martin J. | 0001 | MTC-00004246
Staebler, Carole | 0001 | MTC-00010147
Staelin, Carl | 0002 | MTC-00015365
Stafford, Arthur | 0001 | MTC-00013672
Stafford, Delores | 0001 | MTC-00013000
Stafford, Delores | 0001 | MTC-00009522
Stafford, Lesa | 0001 | MTC-00029644
Stafford, Robert | 0001 | MTC-00029058
Stage, Dennis | 0002 | MTC-00014464
Stage, John | 0001 | MTC-00011033
Staggs, Michael | 0002 | MTC-00000408
Stagman, Ryan | 0001 | MTC-00005348
Stahara, Gary | 0001 | MTC-00000409
Stahara, Gary | 0001 | MTC-00022090
Stahl, Arthur | 0002 | MTC-00032297
Stahl, Garry | 0001 | MTC-00018125
Stahl, Jeannine | 0002 | MTC-00032296
Stahl, Jere | 0001 | MTC-00005341
Stahl, Martin | 0001 | MTC-00020321
Stahl, Neil | 0001 | MTC-00011236
Stahla, Harry A. | 0001 | MTC-00013274
Stahler, Christopher | 0001 | MTC-00008475
Staib, Billie | 0002 | MTC-00029070
Staib, Christina | 0001 | MTC-00009036
Staib, George | 0001 | MTC-00009038
Stainer, Ingo | 0002 | MTC-00009487
Stair, David | 0001 | MTC-00018474
Stajkowski, Allen | 0001 | MTC-00022530
Stalbaum, Brett | 0001 | MTC-00000537
Stalcup, Bryan | 0001 | MTC-00018110
Staley, Paul | 0001 | MTC-00023870
Staley, Perry | 0001 | MTC-00012249
Staley, Perry | 0002 | MTC-00032342
Staley, Perry | 0001 | MTC-00030850
Staley, Perry | 0001 | MTC-00030852
Staley, Perry L. | 0001 | MTC-00005933
Stallings, Steven M. | 0001 | MTC-00009940
Stallins, Curtis | 0001 | MTC-00002975
Stallone, Cosmo | 0001 | MTC-00012299
Stallone, Cosmo | 0001 | MTC-00009686
Stallone, Cosmo | 0001 | MTC-00023541
Stallone, Cosmo | 0001 | MTC-00010886
Stallone, Cosmo | 0001 | MTC-00023531
Stalter, Olivia | 0001 | MTC-00025710
Stambaugh, Margaret | 0001 | MTC-00022756
Stambaugh, Tammy | 0001 | MTC-00010642
Stambaugh, Thomas and Lori | 0001 | MTC-00029589
Stamler, Gordon | 0001 | MTC-00031414
Stamm, Richard | 0001 | MTC-00023128
Stamper, Lenore | 0001 | MTC-00007096
Stampleman, Joe | 0001 | MTC-00002183
Stan | 0001 | MTC-00022482
Stanchfield, Kyle | 0001 | MTC-00012679
Stanckis, Andrejvs | 0001 | MTC-00009347
Stanczak, Rick | 0001 | MTC-00000900
Standage, Ron | 0001 | MTC-00015794
Standal, Bluebell | 0002 | MTC-00033483
Standal, John | 0002 | MTC-00033461
Stanfield, E. | 0001 | MTC-00006352
Stanfield, Earl | 0001 | MTC-00013068
Stanforth, John | 0001 | MTC-00003319
Stang, Spencer J. | 0001 | MTC-00022529
Stangl, Barry | 0001 | MTC-00007423
Stanifer, Albert | 0001 | MTC-00012681
Stanke, Ray | 0001 | MTC-00007503
Stanke, Ray | 0001 | MTC-00012381
Stankiewicz, Andres | 0001 | MTC-00025799
Stankovsky, Carol | 0002 | MTC-00033180
Stanley, Benjamin | 0001 | MTC-00026168
Stanley, Charles | 0001 | MTC-00004882
Stanley, David | 0001 | MTC-00000463
Stanley, David | 0002 | MTC-00008358
Stanley, Ernest | 0001 | MTC-00018622
Stanley, Gordon | 0001 | MTC-00006597
Stanley, James | 0001 | MTC-00004674
Stanley, Jeremiah | 0001 | MTC-00016839
Stanley, Josh | 0001 | MTC-00018227
Stanley, Karen | 0001 | MTC-00022920
Stanley, Larry | 0001 | MTC-00003134
Stanley, Louise | 0001 | MTC-00007095
Stanley, Paul | 0001 | MTC-00014122
Stanley, Robert | 0001 | MTC-00012685
Stanley, Steve | 0001 | MTC-00019894
Stanley, Steven | 0001 | MTC-00001068
Stano, Anthony | 0001 | MTC-00005874
Stansbury, Thomas | 0001 | MTC-00010553
Stansell, David | 0001 | MTC-00027057
Stanzel, Michael | 0001 | MTC-00033262
Stapel, Frank | 0001 | MTC-00010639
Stapelberg, Patrick | 0001 | MTC-00001607
Staph, Jason | 0001 | MTC-00015775
Staples, John | 0003 | MTC-00033799
Staples, Mike | 0001 | MTC-00001616
Stapleton, Mark | 0001 | MTC-00028479
Stapleton,Mark T. | 0001 | MTC-00018743
Staplin, Ted | 0001 | MTC-00007973
Staplin, Ted | 0001 | MTC-00031870
Starback, Edward | 0001 | MTC-00016333
Starbuck, Lisa | 0001 | MTC-00010738
Starch, Phillip | 0001 | MTC-00029665
Starcomp | 0001 | MTC-00015422
Stare, Virginia | 0001 | MTC-00029393
Starett, John | 0001 | MTC-00017433
starflt@ sat.net | 0001 | MTC-00010335
Stargrove, Mitch | 0001 | MTC-00018291
Stark, Charles | 0001 | MTC-00005238
Stark, Jerry | 0001 | MTC-00030510
Stark, Jerry | 0002 | MTC-00007615
Stark, Roy | 0001 | MTC-00017870
Starkel, Jamie | 0001 | MTC-00021711
Starkey, Patricia | 0001 | MTC-00033142
Starkey, Scoot | 0001 | MTC-00015391
Starkrman, Jay | 0002 | MTC-00004754
Starling, Willie | 0001 | MTC-00032684
Starliper, Stephen | 0002 | MTC-00033287
Starnes, Jim | 0001 | MTC-00006767
Starnes, Jon H. | 0002 | MTC-00031699
Starnes, Linda | 0001 | MTC-00029433
Starnes, Terry | 0001 | MTC-00031663
Starns, Don | 0001 | MTC-00014104
Starr, Frank | 0002 | MTC-00030737
Starr, Gerald | 0001 | MTC-00004604
Starr, Patrick | 0001 | MTC-00030265
Starr, Sherri | 0001 | MTC-00005737
Starr, Wendell T. | 0001 | MTC-00033655
Starri, Ernesto | 0001 | MTC-00029051
Starts, Richard | 0001 | MTC-00020049
Starzewski, Pete | 0001 | MTC-00001284
Staskel, Janet | 0001 | MTC-00012341
Staskel, William | 0001 | MTC-00012304
Staskel, William J. | 0001 | MTC-00009358
Stasko, Mike | 0001 | MTC-00014133
Stastny, Richard | 0001 | MTC-00007065
Stathakis, Jennifer | 0001 | MTC-00004310
Stathakis, Jennifer | 0001 | MTC-00015591
Statham, Peter | 0001 | MTC-00014948
Statkiewicz, Walt | 0002 | MTC-00012116
Statler, Mark D. | 0001 | MTC-00007793
Staton, Larry R. | 0001 | MTC-00025943
Staton, Shirley | 0001 | MTC-00021450
Staudenmeier, Paul | 0002 | MTC-00028005
Stauffer, Bob | 0001 | MTC-00011880
Stauffer, Clyde | 0001 | MTC-00003472
Stauffer, Curtis | 0001 | MTC-00027897
Stauffer, Michele | 0001 | MTC-00028142
Staughton, Dale | 0001 | MTC-00031424
Staunton, Billie | 0001 | MTC-00021054
Stavely, Jotham | 0006 | MTC-00012618
Stavely, Joy | 0001 | MTC-00008511
Stavrou, Byron | 0001 | MTC-00006153
Stavrov, Byron | 0001 | MTC-00012122
Stawn, Natalie | 0001 | MTC-00027697
Stb145@ juno.com | 0001 | MTC-00026901
Stead, James | 0001 | MTC-00012626
Steadman, Kenneth D. | 0002 | MTC-00030839
Steard, Arnanda | 0001 | MTC-00030590
Stearn, Cheryl | 0001 | MTC-00028343
Stearns, Mary | 0001 | MTC-00022182
Stearns, William | 0002 | MTC-00003774
Stearns, Winifred Anthony | 0001 | MTC-00017244
Stebbins, Evelyn | 0001 | MTC-00023413
Stebbins, Malcolm | 0002 | MTC-00003795
Stebbins, Peter | 0001 | MTC-00032849
Stebley, Gene | 0001 | MTC-00005302
Stechmann, David | 0001 | MTC-00012922
Stechmann, Eric | 0001 | MTC-00016184
Stecklein, Michelle | 0002 | MTC-00023310
Steckman, Walter | 0001 | MTC-00008668
Stedding, Jeff | 0001 | MTC-00020972
Stedng, Raymond | 0001 | MTC-00011092
Steele, Andrew | 0002 | MTC-00001368
Steele, Chrys | 0001 | MTC-00007607
Steele, Chuck | 0001 | MTC-00029684
Steele, Colin | 0001 | MTC-00018539
Steele, Dave | 0001 | MTC-00008565
Steele, Dianne | 0001 | MTC-00023647
Steele, Donald L. | 0001 | MTC-00010242
Steele, Gerald | 0001 | MTC-00011834
Steele, Philip | 0001 | MTC-00028302
Steele, Stephen | 0002 | MTC-00010730
Steele, Steve | 0001 | MTC-00024743
Steele, Susan | 0001 | MTC-00006817
Steen, Fred | 0002 | MTC-00030697
Steenback, Jan | 0001 | MTC-00012644
Steenkamp, Andre | 0001 | MTC-00002832
Steensby, Walter | 0002 | MTC-00002196
Steensina, Keith | 0001 | MTC-00008381
Steensma, Keith | 0001 | MTC-00000473
Steere, David | 0001 | MTC-00021570
Steers, Cory | 0001 | MTC-00015678
Stefan, Donna | 0001 | MTC-00020619
Stefanov, N. | 0001 | MTC-00015168
Stefenel, Rudy | 0002 | MTC-00025637
Stefenel, Rudy | 0003 | MTC-00001116
Steffen, Mona Mehta | 0001 | MTC-00011492
Steffenson, Merle | 0001 | MTC-00009676
Steffey, Roy | 0001 | MTC-00014563
Steffrey, Roy | 0001 | MTC-00031572
Steffy, Robert | 0002 | MTC-00008721
Stegall, Anne | 0001 | MTC-00012627
Stegmaier, George | 0001 | MTC-00013027
Stegner, Timothy | 0001 | MTC-00020887
Stehlek, Jim | 0001 | MTC-00005301
Stehr, Ryan | 0001 | MTC-00026219
Steichen, Jim | 0001 | MTC-00003257
Steiert, Greg | 0001 | MTC-00019137
Stein, Daniel | 0001 | MTC-00015544
Stein, Fred | 0001 | MTC-00020197
Stein, Herman Riley | 0001 | MTC-00033053
Stein, Howard | 0001 | MTC-00009581
Stein, James P. | 0003 | MTC-00026147
Stein, Judy | 0001 | MTC-00028900
Stein, William | 0001 | MTC-00031904
Steinbach, Rob | 0001 | MTC-00014347
Steinbach, Rob | 0001 | MTC-00010255
Steinbecker, Larry | 0002 | MTC-00008410
Steinberg, Steven H. | 0001 | MTC-00003927
Steinberg, Steven H. | 0001 | MTC-00007357
Steinberger, Mark | 0001 | MTC-00025987
Steiner, Greg | 0002 | MTC-00030117
Steiner, John | 0002 | MTC-00026686
Steiner, Jon | 0001 | MTC-00001627
Steiner, Richard L. | 0001 | MTC-00027249
Steingold, Sam | 0001 | MTC-00004693
Steingold, Sam | 0001 | MTC-00016613
Steinhart, Albert | 0001 | MTC-00007307
Steinhart, Ben | 0001 | MTC-00007771
Steinhart, Harka | 0003 | MTC-00004923
Steinhauser, Sam | 0001 | MTC-00005957
Steinhour, Bill | 0001 | MTC-00024489
Steinhour, Leif | 0001 | MTC-00016971
Steinhurst, Josh | 0001 | MTC-00015350
Steinke, Kate | 0001 | MTC-00024087
Steinke, Ronald | 0002 | MTC-00010836
Steinman, Jan | 0002 | MTC-00002094
Steinman, Scott | 0001 | MTC-00024334
Steinmetz, Fred | 0001 | MTC-00022579
Steinmeyer, E. | 0001 | MTC-00006472
Steiny, Don | 0001 | MTC-00000070
Stella, William | 0006 | MTC-00009665
Stelly, Marlene and C Warren | 0001 | MTC-00012373
Stelou, Dean | 0001 | MTC-00027781
Stelow, Dean | 0001 | MTC-00006703
Stemeker, Johnny | 0001 | MTC-00007966
Stemen, Ray and Judy | 0001 | MTC-00023521
Stemper, Julia | 0001 | MTC-00010636
Stence, Jesse | 0001 | MTC-00023723
Stenchever, Marc | 0001 | MTC-00004957
Stengel, Charles | 0001 | MTC-00008653
Stengel, John | 0001 | MTC-00030772
Stenle, Jessee | 0001 | MTC-00012112
Stenner, Jack | 0001 | MTC-00002182
Stennis, Earl A. | 0002 | MTC-00023915
Stenstream, Robert | 0001 | MTC-00031658
Steorts, Roland | 0001 | MTC-00020715
Steorts, Ronald C | 0001 | MTC-00014746
Stepan, Barbara | 0001 | MTC-00003964
Stepan, Barbara | 0001 | MTC-00014260
Steph2@ microsoft.com | 0001 | MTC-00011305
Stephan, Mark | 0001 | MTC-00020098
Stephane | 0001 | MTC-00010628
Stephans, Michael | 0001 | MTC-00001371
Stephen, Barbara | 0001 | MTC-00014367
Stephen, Mike | 0002 | MTC-00004490
Stephen, Mike | 0002 | MTC-00017978
Stephenes, J.A. | 0001 | MTC-00025393
Stephens, Barry | 0001 | MTC-00012242
Stephens, Barry | 0001 | MTC-00009633
Stephens, Billy | 0001 | MTC-00002896
Stephens, Brandon | 0001 | MTC-00017622
Stephens, Dean | 0001 | MTC-00010556
Stephens, Devon | 0001 | MTC-00019779
Stephens, Don | 0001 | MTC-00026247
Stephens, J.M. | 0001 | MTC-00010204
Stephens, James | 0002 | MTC-00033206
Stephens, Jeffrey | 0001 | MTC-00000148
Stephens, Joseph & Maxir | 0001 | MTC-00030182
Stephens, Mark | 0001 | MTC-00010806
Stephens, Marty | 0001 | MTC-00011535
Stephens, Phil | 0001 | MTC-00002767
Stephens, Ron | 0001 | MTC-00031060
Stephens, Scott A. | 0001 | MTC-00002549
Stephens, Steve | 0001 | MTC-00005869
Stephens, Stu | 0001 | MTC-00027131
Stephens, Stuart B. Jr. | 0001 | MTC-00011940
Stephenson, Brad | 0001 | MTC-00007748
Stephenson, Bruce and Janet | 0001 | MTC-00023264
Stephenson, Frank | 0001 | MTC-00022062
Stephenson, Laura | 0002 | MTC-00025759
Stephenson, Norman | 0001 | MTC-00020566
Stephenson, Richard T. | 0001 | MTC-00019445
Stephenson, Tom | 0001 | MTC-00005823
Stephenson, Tom | 0001 | MTC-00010089
Stepp, Lewis | 0003 | MTC-00006561
Stepp, Lewis | 0001 | MTC-00030663
Stepp, Lewis | 0002 | MTC-00030746
Sterbenz, William K. | 0002 | MTC-00023461
Stereno, Lorrainne | 0001 | MTC-00005477
Sterian, Andrew | 0002 | MTC-00016309
Sterling, C.O. “Cap” | 0002 | MTC-00032182
Sterling, Charles R. | 0002 | MTC-00019342
Sterling, James | 0001 | MTC-00019515
Sterling, Nicholas | 0002 | MTC-00019902
Stermler, Stewart J. | 0001 | MTC-00018824
Stern, Dan | 0001 | MTC-00005386
Stern, John | 0001 | MTC-00030059
Stern, Josh | 0001 | MTC-00015311
Sternberg, Richard S. | 0002 | MTC-00007412
Sternecker, Geoff | 0001 | MTC-00002789
Sterner, Jack | 0002 | MTC-00027221
Sterner, William H. | 0005 | MTC-00022303
Sterns, Phil | 0001 | MTC-00020839
Stetner, Douglas | 0001 | MTC-00002139
Stetson, Douglas G. | 0001 | MTC-00015193
Steuber, Robert | 0001 | MTC-00023642
Steuber, Robert | 0001 | MTC-00023644
Steurt, Skip | 0002 | MTC-00001622
Steve | 0002 | MTC-00019036
Steve | 0002 | MTC-00025745
steve@ sanguinettico.com | 0001 | MTC-00017289
stevej@ deadsplene.com | 0001 | MTC-00014557
Steven Gorkowski | 0001 | MTC-00019723
Stevens, Borden B. | 0001 | MTC-00014647
Stevens, Brian | 0001 | MTC-00016154
Stevens, Derek | 0001 | MTC-00008956
Stevens, Derek | 0001 | MTC-00027454
Stevens, Don | 0001 | MTC-00028011
Stevens, Douglas | 0001 | MTC-00025261
Stevens, James and Alice | 0001 | MTC-00032954
Stevens, Jim | 0001 | MTC-00019605
Stevens, Joe | 0003 | MTC-00015271
Stevens, Joe | 0002 | MTC-00002596
Stevens, John | 0002 | MTC-00008621
Stevens, Ralph | 0001 | MTC-00015925
Stevens, Robert and Natalie | 0002 | MTC-00028258
Stevens, Sean | 0001 | MTC-00001873
Stevens, Sean | 0001 | MTC-00019381
Stevens, Thelma | 0001 | MTC-00008078
Stevens, Thelma | 0001 | MTC-00026323
Stevens, Timothy | 0001 | MTC-00001148
Stevens, William | 0002 | MTC-00003416
Stevens, William F. | 0002 | MTC-00031785
Stevens, William F. | 0001 | MTC-00008846
Stevenson | 0001 | MTC-00033616
Stevenson, Craig | 0002 | MTC-00003468
Stevenson, Herbert | 0002 | MTC-00032177
Stevenson, Herbert | 0001 | MTC-00032585
Stevenson, Herbert L. | 0001 | MTC-00029593
Stevenson, John | 0001 | MTC-00026662
Stevenson, John | 0001 | MTC-00027163
Stevenson, Kyle | 0001 | MTC-00013056
Stevenson, Leo | 0001 | MTC-00029253
Stevenson, Lisa | 0001 | MTC-00032842
Stevenson, Marcia | 0001 | MTC-00032581
Stevenson, Mark | 0001 | MTC-00024464
Stevenson, Mike | 0001 | MTC-00004285
Stevenson, Richard | 0001 | MTC-00006367
Stevenson, Robert W. | 0001 | MTC-00005654
Stevenson, T.Q. | 0001 | MTC-00005066
Stevenson, Tom | 0001 | MTC-00028415
Stever, David | 0001 | MTC-00022061
Steverson, Derik | 0001 | MTC-00028756
Steward, Bob | 0003 | MTC-00017760
Steward, Nick | 0001 | MTC-00012471
Steward, Rebecca | 0001 | MTC-00012447
Steward, Ron | 0001 | MTC-00027720
Steward, Ronald | 0001 | MTC-00027683
Stewart, Andrew | 0001 | MTC-00025704
Stewart, Angela M. | 0001 | MTC-00029662
Stewart, Art | 0001 | MTC-00016153
Stewart, Carl | 0001 | MTC-00024495
Stewart, Charles | 0002 | MTC-00027617
Stewart, Chris | 0001 | MTC-00012795
Stewart, Craig W. | 0001 | MTC-00005583
Stewart, David | 0002 | MTC-00030097
Stewart, Dee | 0001 | MTC-00033693
Stewart, Fitz | 0001 | MTC-00011696
Stewart, Floyd | 0001 | MTC-00032949
Stewart, Geoff | 0001 | MTC-00022684
Stewart, Glen | 0002 | MTC-00019235
Stewart, Grace | 0001 | MTC-00023951
Stewart, Grace | 0001 | MTC-00033412
Stewart, Guy | 0002 | MTC-00023672
Stewart, Harry | 0002 | MTC-00033084
Stewart, J. | 0001 | MTC-00006088
Stewart, James | 0001 | MTC-00022678
Stewart, James J. | 0001 | MTC-00002682
Stewart, Jeffrey | 0001 | MTC-00029028
Stewart, Jerry | 0001 | MTC-00019234
Stewart, John | 0001 | MTC-00018437
Stewart, Ken | 0001 | MTC-00026943
Stewart, Mark | 0002 | MTC-00029452
Stewart, Mary L. | 0002 | MTC-00002239
Stewart, Michael | 0001 | MTC-00013029
Stewart, Roger | 0001 | MTC-00026340
Stewart, Roy | 0001 | MTC-00032709
Stewart, Sandy | 0001 | MTC-00014171
Stewart, Toy | 0001 | MTC-00030262
Stewart, Warren | 0001 | MTC-00008498
Stewart, William | 0001 | MTC-00015804
sthompson292811MI@ comcast.net | 0001 | MTC-00010887
Stickland, Thomas E. | 0001 | MTC-00032531
Stiggz, Sherry | 0001 | MTC-00001479
Stiglutz, Joseph and Furman (CCIA) | 0046 | MTC-00030612
Stiles, Jason W. | 0002 | MTC-00009264
Stiles, Jim | 0001 | MTC-00020912
Stiles, John | 0001 | MTC-00014251
Stilih, John C. | 0001 | MTC-00023921
Stilin, John | 0001 | MTC-00033400
Still, Constance | 0001 | MTC-00013016
Still, Richard | 0001 | MTC-00019052
Stillie, Christopher | 0001 | MTC-00007612
Stillion, Minda | 0001 | MTC-00010103
Stillwagen, John | 0001 | MTC-00017698
Stillwaggon, Daniel Charles | 0001 | MTC-00022116
Stillwaggon, Dennis | 0001 | MTC-00000743
Stilmack, Henry | 0002 | MTC-00018484
Stilwell, Albert | 0001 | MTC-00023307
Stilz, Mike | 0001 | MTC-00020562
Stimpson, Mike | 0002 | MTC-00026085
Stimpson, Todd | 0001 | MTC-00015675
Stineman, Michael | 0002 | MTC-00028850
Stingley, Ron | 0001 | MTC-00031705
Stinson, Baxter | 0001 | MTC-00020388
Stinson, Charles | 0001 | MTC-00031165
Stinson, Charles B. | 0002 | MTC-00010594
Stipler, Joan | 0002 | MTC-00028842
Stirk, Tony | 0001 | MTC-00023662
Stirling, M. David | 0002 | MTC-00030423
Stites, Steve | 0001 | MTC-00004986
Stobart, Peter | 0002 | MTC-00032043
Stobaugh, Meal | 0002 | MTC-00028907
Stoce, Jennifer | 0001 | MTC-00025465
Stock, Bob | 0001 | MTC-00031756
Stock, Mark | 0001 | MTC-00023652
Stock, Mary | 0002 | MTC-00033108
Stock, Stuart | 0001 | MTC-00016053
Stockdale, Cathal | 0002 | MTC-00016243
Stocker, Alexandra | 0001 | MTC-00008121
Stocker, Bob | 0001 | MTC-00002797
Stocking, Jim | 0001 | MTC-00018870
Stockman, Robert L. | 0001 | MTC-00006430
Stockton, Rick | 0007 | MTC-00014852
Stockwell, William | 0001 | MTC-00024115
Stoddard, Dave | 0001 | MTC-00015047
Stoddard, David | 0001 | MTC-00023942
Stoddard, David | 0001 | MTC-00033407
Stoddard, Mike | 0001 | MTC-00005627
Stoddard, Mike | 0001 | MTC-00005778
Stoddard, Mike | 0001 | MTC-00019340
Stoddard@ mail.altelco.net@ inetgw | 0001 | MTC-00003024
Stoecker, Matthew | 0001 | MTC-00028421
Stoeker, Richard | 0001 | MTC-00025390
Stoewe, Walter | 0001 | MTC-00006439
Stoffel, Mick | 0001 | MTC-00011790
Stoffel, Mick | 0001 | MTC-00027705
Stogentin, Randall | 0001 | MTC-00027791
Stogsdill, Gary | 0001 | MTC-00005266
Stokely, Kenneth | 0001 | MTC-00013231
Stokes, David | 0002 | MTC-00016050
Stokes, Doreen | 0003 | MTC-00024949
Stokes, Matthew | 0002 | MTC-00002675
Stokes, Sharon | 0001 | MTC-00006292
Stokes, Spencer | 0001 | MTC-00010109
Stokes, Spencer P. | 0001 | MTC-00032036
Stokum, Carolyb | 0001 | MTC-00023385
Stoll, Eric | 0001 | MTC-00015233
Stoll, Kurt | 0002 | MTC-00001468
Stolp, Gary | 0001 | MTC-00012172
Stolp, Gary | 0001 | MTC-00009323
Stolper, Mike | 0001 | MTC-00005425
Stolt, Chuck | 0001 | MTC-00013401
Stoltz, Jeff | 0001 | MTC-00021181
Stoltzfus, Florence | 0001 | MTC-00012331
Stone, Barbara | 0001 | MTC-00027144
Stone, Chris | 0001 | MTC-00000410
Stone, Christopher | 0001 | MTC-00003648
Stone, Glen R. | 0002 | MTC-00010612
Stone, Hal | 0002 | MTC-00027197
Stone, Jill | 0001 | MTC-00001270
Stone, Mike | 0001 | MTC-00013894
Stone, Mitch | 0001 | MTC-00027891
Stone, Robert and June | 0002 | MTC-00032511
Stone, Ronald | 0001 | MTC-00009548
Stone, Sergio C. | 0001 | MTC-00025226
Stone, Steve | 0002 | MTC-00019559
Stone, Tabby | 0001 | MTC-00014238
Stone, Tracy | 0002 | MTC-00032523
Stone, William | 0001 | MTC-00008756
Stone, William | 0002 | MTC-00028038
Stoneburner, Jim | 0001 | MTC-00011536
Stoneham, John | 0001 | MTC-00022803
Stoneman, Gatewood | 0001 | MTC-00031569
Stoner, I. Paul | 0002 | MTC-00030109
Stoner, Richard | 0001 | MTC-00013791
Stoner, William | 0001 | MTC-00032877
Stonere, Roy | 0002 | MTC-00017517
Stones, Rick | 0002 | MTC-00020314
Stoos, Ralph | 0003 | MTC-00021163
Stoppa, Frank | 0001 | MTC-00021818
Stoppa, Frank | 0001 | MTC-00013670
Storck, Dennis | 0001 | MTC-00012963
Stordahl, Norm | 0001 | MTC-00007518
Storer, Chris | 0001 | MTC-00017726
Storey, Richard | 0002 | MTC-00011201
Storey, Robert | 0001 | MTC-00013124
Storey, William | 0001 | MTC-00007159
Storm, Card | 0001 | MTC-00030309
Storm, Carol | 0001 | MTC-00030333
Storm, David | 0001 | MTC-00007905
Storm, Ed | 0001 | MTC-00017930
Storm, George Lawrence | 0002 | MTC-00029268
Storm, Stephen | 0002 | MTC-00033151
Stormberg, Bob | 0001 | MTC-00018046
Stormes, Lester | 0001 | MTC-00000152
Stortenbecker, Melinda | 0001 | MTC-00010683
Stortz, Bill | 0001 | MTC-00006215
Stortz, Mike | 0001 | MTC-00015541
Story, A. P. | 0001 | MTC-00011353
Storz, Hilma | 0001 | MTC-00009275
Stoughton, Dale | 0001 | MTC-00006278
Stoughton, Tim | 0001 | MTC-00005022
Stout, Anne G. | 0001 | MTC-00008088
Stout, Charles | 0001 | MTC-00009719
Stout, J. Justin | 0001 | MTC-00032134
Stout, Jim | 0001 | MTC-00008114
Stout, Justin | 0001 | MTC-00002586
Stout, Mark | 0002 | MTC-00000907
Stout, Mark | 0002 | MTC-00017003
Stout, Mark | 0002 | MTC-00004120
Stout, Paul | 0001 | MTC-00011584
Stout, Paul | 0001 | MTC-00007981
Stout, Rocky | 0001 | MTC-00014891
Stout, Rocky | 0001 | MTC-00014904
Stoutenger, Jack | 0001 | MTC-00005224
Stouts, Richard | 0001 | MTC-00013195
Stouts, Richard | 0001 | MTC-00008473
Stouts, Richard | 0001 | MTC-00011367
Stover, Phil | 0001 | MTC-00005694
stover8@ juno.com | 0001 | MTC-00028224
Stowe, Kim | 0001 | MTC-00012199
Stowe, Michael | 0001 | MTC-00002846
Stowe, Royce | 0001 | MTC-00021639
Stowell, Deric | 0001 | MTC-00018718
Stowers, Norman | 0001 | MTC-00026695
Stox, Kenneth | 0001 | MTC-00018186
Stpehenson, Carol | 0001 | MTC-00006529
Stpehenson, Tom | 0001 | MTC-00003045
Stphenson, Bruce | 0001 | MTC-00015916
StPierre, Meredith | 0001 | MTC-00008394
stpranch@ hotmail.com | 0001 | MTC-00024152
stpranch@ hotmail.com | 0001 | MTC-00024252
Stracchio, Paul | 0002 | MTC-00023946
Straight, Jason | 0004 | MTC-00000813
Strain, John J. | 0001 | MTC-00028563
Strain, Mike | 0002 | MTC-00032522
Strain, Walter | 0001 | MTC-00008323
Strait, Matthew | 0001 | MTC-00016041
Strampach, Norman | 0001 | MTC-00016466
Strand, Alan | 0001 | MTC-00029637
Strand, Brian | 0001 | MTC-00017675
Strand, Carl | 0001 | MTC-00020531
Strand, CArolyn | 0001 | MTC-00030176
Strand, Donald | 0001 | MTC-00012871
Strand, Troy | 0001 | MTC-00022824
Strang, James E. | 0002 | MTC-00027895
Strang, Jeff | 0001 | MTC-00016144
Strange, E. | 0001 | MTC-00025499
Strange, Malcolm | 0002 | MTC-00031577
Strangnell, Ben | 0001 | MTC-00019988
Strasser, Carl | 0001 | MTC-00014072
Strasser, Michael | 0001 | MTC-00005430
Stratton, Joshua | 0001 | MTC-00003703
Stratton, Randy | 0001 | MTC-00030266
Straub, David | 0002 | MTC-00021071
Straus, jim | 0001 | MTC-00017178
Straus, Jim | 0002 | MTC-00002298
Strauss, Fred | 0001 | MTC-00027554
Strauss, Gary C. | 0001 | MTC-00003952
Strauss, Glenn | 0001 | MTC-00020214
Strauss, Paul | 0001 | MTC-00000483
Strauss, Randy | 0004 | MTC-00017732
Strawn, Monroe | 0001 | MTC-00024621
Streagholt, Hillary | 0001 | MTC-00032056
Strecter, Thomas | 0001 | MTC-00016673
Street, Brian | 0001 | MTC-00016856
Streeter, Bernard A. | 0002 | MTC-00031353
Streeter, George | 0001 | MTC-00002493
Streeter, Thomas | 0001 | MTC-00003904
Streger, Larry | 0001 | MTC-00009611
Streicher, William | 0002 | MTC-00028260
Stremcive, Steven | 0001 | MTC-00016847
Stretesky, Jaye | 0001 | MTC-00029674
Stribling, Mark | 0001 | MTC-00003684
Strick, Douglas | 0001 | MTC-00024925
Strick, Stan | 0001 | MTC-00026477
Stricklan, Gloria | 0001 | MTC-00022453
Strickland, Barabara | 0001 | MTC-00009569
Strickland, John and Sandy | 0001 | MTC-00002507
Strickland, L. | 0002 | MTC-00032138
Strickland, Milo | 0001 | MTC-00014458
Strickland, Thomas E. | 0001 | MTC-00009937
Strickler, Dale | 0002 | MTC-00000506
Stricklin, Shawn | 0001 | MTC-00016220
Striger, Josh | 0001 | MTC-00016123
Striker, Chris | 0001 | MTC-00005356
Strilowich, Russ | 0001 | MTC-00007460
Stringer, Robert | 0001 | MTC-00005338
Stringer, Wayne | 0001 | MTC-00029649
Stringham, Willard | 0001 | MTC-00020927
Strnad, Jason W. | 0001 | MTC-00015907
Stro-mnaes, Bjo-rn | 0001 | MTC-00020348
Stroavaldsen, Eric | 0001 | MTC-00019606
Strobel, Eric L. | 0002 | MTC-00013446
Strobel, Ronald V. | 0001 | MTC-00007493
Stroble, James | 0001 | MTC-00017856
Strohl, Robert | 0001 | MTC-00008023
Strohman, Rollin | 0001 | MTC-00003017
Strom Erik | 0008 | MTC-00015403
Stroman, Judith | 0001 | MTC-00020378
Stromberg, Dan | 0001 | MTC-00003882
Stromberg, Robert | 0001 | MTC-00016134
Stromsdorfer, Boyd | 0001 | MTC-00002766
Stromswold, Orrin | 0001 | MTC-00028658
Strong, Albert | 0001 | MTC-00028665
Strong, Benjamin | 0001 | MTC-00005519
Strong, Bob | 0001 | MTC-00028989
Strong, James | 0001 | MTC-00031290
Strong, Jeff | 0001 | MTC-00001939
Strong, Jeff | 0001 | MTC-00013203
Strong, Mike | 0002 | MTC-00010569
Strong, R.E. | 0001 | MTC-00014348
Strong, Thomas | 0001 | MTC-00024084
Stroscheim, Emmett | 0001 | MTC-00013911
Stroud, Paul | 0001 | MTC-00014890
Stroud, Richard and Beverly | 0001 | MTC-00031027
Stroud, Ruth | 0001 | MTC-00020303
Stru, Merritt | 0001 | MTC-00023137
Strube, Wayne | 0001 | MTC-00031787
Struckhoff, Ian | 0001 | MTC-00000572
Strunk, Jerry | 0001 | MTC-00005768
Strutts, Jill | 0001 | MTC-00030051
Strzelec, Stanley | 0001 | MTC-00006118
STU96 | 0001 | MTC-00005702
Stuart, Chuck | 0001 | MTC-00014884
Stuart, Doug | 0001 | MTC-00031419
Stuart, Graham | 0001 | MTC-00000378
Stuart, L B. | 0001 | MTC-00006431
Stuart, L.B. | 0001 | MTC-00012021
Stuart, LB | 0001 | MTC-00024555
Stuart, Lewis B. | 0001 | MTC-00026153
Stuart, MaryAnn | 0001 | MTC-00026105
Stuart, Mike | 0001 | MTC-00030517
Stuart, Stan | 0001 | MTC-00001132
Stuart, Terry | 0001 | MTC-00026922
Stubblefield, Rex | 0001 | MTC-00010053
Stubbs, C.A. | 0001 | MTC-00021575
Stubbs, Todd | 0001 | MTC-00001464
Stubits, Eva | 0001 | MTC-00028715
Stuckey, William E. | 0001 | MTC-00015418
Stucky, Jeff | 0001 | MTC-00006782
Studelhoff, Scott | 0001 | MTC-00023034
Studer, Louis L. | 0001 | MTC-00029066
Stuhan, Richard | 0001 | MTC-00024094
Stuhler, Michael | 0001 | MTC-00014835
Stuling, Mike | 0001 | MTC-00001458
Stults, Brian | 0002 | MTC-00017724
Stults, Don | 0001 | MTC-00032358
Stump, Christopher S. | 0002 | MTC-00001693
Stump, Jerry | 0001 | MTC-00011768
Stump, Joe | 0001 | MTC-00003676
Stump, Laurie | 0001 | MTC-00021076
Stump, Marilyn | 0001 | MTC-00031611
Stump, Marjorie | 0002 | MTC-00033499
Stump, Mary | 0001 | MTC-00020983
Stunt, Car | 0001 | MTC-00000259
sturde@ az.com | 0007 | MTC-00028349
Sturgeon, Jared | 0001 | MTC-00022318
Sturgill, Thom | 0001 | MTC-00015222
Sturm, Jeff | 0001 | MTC-00018026
Sturm, Merle | 0001 | MTC-00028979
Sturm, Noel | 0001 | MTC-00020143
Sturrock,, John | 0001 | MTC-00010129
Sturtz, Michael | 0001 | MTC-00021395
Stutts, Don | 0001 | MTC-00005201
Stutzman, Ken | 0001 | MTC-00005813
Stutzman, Ken | 0001 | MTC-00011614
Stvelprager, Tom | 0001 | MTC-00028780
Stvenson, Craig | 0003 | MTC-00003495
Styles, Edward | 0001 | MTC-00004605
Styles, J. | 0001 | MTC-00000439
Styles, John | 0001 | MTC-00009873
Su, Derek | 0001 | MTC-00009827
Su, Shiaw | 0001 | MTC-00006616
Su, Ying Fu | 0001 | MTC-00024736
Suarez, Jose | 0001 | MTC-00002786
Suarez, Tony | 0001 | MTC-00001260
Submarina | 0001 | MTC-00007513
Subramaniam, Baskaran | 0001 | MTC-00013205
Sucha, Joe and Sandy | 0001 | MTC-00010466
Sucher, Joshua | 0001 | MTC-00025436
Suchy, Andrew | 0002 | MTC-00005312
Suckling, J. Robert | 0002 | MTC-00002888
Sucsy, Arthur C., Dr. | 0003 | MTC-00009755
Sudbrink, Craig | 0001 | MTC-00031803
Suddia, Toreq | 0001 | MTC-00030804
Sudha | 0001 | MTC-00027765
Sudha | 0002 | MTC-00027805
Sudindranath, Dahan Jay | 0001 | MTC-00004209
Sudman, Ruthann | 0002 | MTC-00026256
Sue, Jeffrey Y. | 0001 | MTC-00026887
Sue@ pecco.com | 0001 | MTC-00010419
sueamark@ msn.com | 0001 | MTC-00028621
Sueger, John | 0001 | MTC-00023178
Suenddal, G. R. | 0001 | MTC-00026908
Suenkit, Chau | 0001 | MTC-00027457
Sueysch30@ aol.com | 0001 | MTC-00006805
Suftafson, Ed | 0001 | MTC-00030875
Sugarbaker, Mike | 0001 | MTC-00018421
Sugars, Kirk | 0002 | MTC-00004520
Suhaka, Andy | 0001 | MTC-00032112
Suhn, Vernon | 0001 | MTC-00029671
Suina, Dave | 0002 | MTC-00017646
Suitenko, Paul | 0001 | MTC-00028410
Suitler, Francis | 0001 | MTC-00029842
Sukthankar | 0001 | MTC-00017356
Sukthankay, Gita | 0001 | MTC-00017063
Sulander, Lee | 0001 | MTC-00006302
Sulander, Lee | 0001 | MTC-00015307
Sule, Michael | 0001 | MTC-00030292
Sulistio, Rose | 0001 | MTC-00006676
Sullivan Harry E. B. | 0001 | MTC-00008098
Sullivan, Art | 0003 | MTC-00026667
Sullivan, Avonia | 0001 | MTC-00026487
Sullivan, Brian | 0001 | MTC-00000315
Sullivan, Daniel | 0001 | MTC-00005481
Sullivan, Daniel T. | 0001 | MTC-00014455
Sullivan, David | 0001 | MTC-00024475
Sullivan, Frances T. | 0001 | MTC-00030322
Sullivan, Harold | 0001 | MTC-00026516
Sullivan, John P. | 0001 | MTC-00005890
Sullivan, Lawrence | 0001 | MTC-00031491
Sullivan, Margaret | 0001 | MTC-00007226
Sullivan, MaryAnn | 0001 | MTC-00008060
Sullivan, Michael | 0001 | MTC-00003970
Sullivan, Michaels | 0002 | MTC-00016148
Sullivan, Neil | 0001 | MTC-00026349
Sullivan, Seamus | 0001 | MTC-00017146
Sullivan, Sue | 0001 | MTC-00026239
Sullivan, Thomas F. | 0001 | MTC-00011241
Sullivan, Thomas F. | 0001 | MTC-00028577
Sullivan, Tim | 0001 | MTC-00024428
Sullivan, Timothy | 0001 | MTC-00031546
Sullivan, Tracey | 0001 | MTC-00013246
Sullivan, Troy | 0001 | MTC-00001027
Sullivan, Viriginia | 0002 | MTC-00030759
Sullivan, Wendy | 0001 | MTC-00006821
Sullivan, William | 0001 | MTC-00020444
Sullivan, Zeroth Mark P. | 0001 | MTC-00029478
Sullivant, Edwin | 0001 | MTC-00021704
Sulzberger, Jay | 0006 | MTC-00027596
Sum, Redmund | 0001 | MTC-00007453
Sumadi, Samer | 0001 | MTC-00007389
Sumedinger, Paul | 0001 | MTC-00017874
Sumey, Roger | 0001 | MTC-00027353
Suminsby, Dave | 0001 | MTC-00021795
Sumlin, Jack | 0001 | MTC-00030903
Summerfield, William F | 0001 | MTC-00029785
Summers, Bob | 0001 | MTC-00030873
Summers, Brenda J. | 0001 | MTC-00033840
Summers, Brian | 0002 | MTC-00020179
Summers, Erika | 0001 | MTC-00031293
Summers, Frank | 0002 | MTC-00016827
Summers, Harry | 0001 | MTC-00006899
Summers, Norma | 0001 | MTC-00013521
Summers, Norma | 0001 | MTC-00022718
Summers, Robin | 0001 | MTC-00011373
Summers, Ruth | 0001 | MTC-00028483
Sumner, Andrews | 0001 | MTC-00019252
Sumner, Richard | 0002 | MTC-00020584
Sumskis, Eugene | 0001 | MTC-00022683
Sun Microsystems | 0039 | MTC-00030609
Sun, Fred | 0001 | MTC-00005069
Sun, Hooky | 0001 | MTC-00024016
Sun, Valerie | 0001 | MTC-00014727
Sundblad, Sten | 0002 | MTC-00020432
Sundquist, David | 0002 | MTC-00026995
Sundstrom, Richard M. | 0002 | MTC-00030760
Sundt, Greg | 0001 | MTC-00025557
Sunkavalli, Vikram | 0001 | MTC-00015052
Sunnybarb@ hotmail.com | 0001 | MTC-00011420
Sunthimer, Joe | 0002 | MTC-00033257
supern1987@ aol.com | 0001 | MTC-00007746
Suquitan, Oz | 0001 | MTC-00027449
Sur, Larry | 0001 | MTC-00007020
Sur, Sylivia | 0001 | MTC-00025451
Sur, Sylvia | 0001 | MTC-00007193
Surcre, Dorothy | 0001 | MTC-00004823
Surens, Frank | 0001 | MTC-00000906
Surline, George W. | 0001 | MTC-00006858
Surlow, James | 0001 | MTC-00029002
Surra | 0001 | MTC-00015948
Susalis, Christopher R. | 0001 | MTC-00009858
Susan Hussey, AKA susanhussey@ pcc.net | 0001 | MTC-00020397
Sussman, Mark | 0001 | MTC-00011029
Suter, Mark | 0001 | MTC-00014448
Suter, Pat | 0002 | MTC-00032530
Suter, Thomas | 0001 | MTC-00020915
Sutherland, Joseph | 0001 | MTC-00022922
Sutherland, Mark | 0001 | MTC-00028413
Suttan, Charles | 0001 | MTC-00020021
Suttell, Frank | 0001 | MTC-00018762
Sutton, Beatrice | 0001 | MTC-00025603
Sutton, Colin | 0001 | MTC-00001654
Sutton, Jack | 0001 | MTC-00019508
Sutton, Joel | 0001 | MTC-00024819
Svanberg, C. | 0001 | MTC-00003751
Svancara, Otto | 0001 | MTC-00022439
Svec, Steven | 0001 | MTC-00012219
svedvik@ wt6.usdoj.gov | 0001 | MTC-00004859
Svee, Larry | 0002 | MTC-00032315
Svenselius, Wilhelm | 0001 | MTC-00020523
Svetlik, Cleve | 0001 | MTC-00025366
Svinkelstein, Jeremy | 0001 | MTC-00022590
Svinkelstin, Jeremy | 0002 | MTC-00011024
Svinkelstin, Jeremy | 0002 | MTC-00011023
Svjagintsev, Jueri | 0001 | MTC-00004340
Svoboda, Albert | 0002 | MTC-00026649
Swafford, Joe | 0002 | MTC-00005190
Swaim, Nancy | 0001 | MTC-00005270
Swain, James E. | 0001 | MTC-00027272
Swain, Nancy | 0001 | MTC-00021156
Swain, Scott | 0001 | MTC-00025890
Swain, Sheris | 0001 | MTC-00005197
Swalby, Louie | 0001 | MTC-00029031
Swallow, Greg | 0002 | MTC-00032128
Swaminathan, Panchanadam | 0002 | MTC-00006509
Swan, Brian | 0001 | MTC-00016884
Swan, Diane | 0002 | MTC-00026935
Swan, Tom | 0001 | MTC-00010239
Swank, Jeff | 0001 | MTC-00006377
Swannsboro, Eugen | 0001 | MTC-00020826
Swanson, Christian | 0001 | MTC-00024203
Swanson, Eric | 0002 | MTC-00004531
Swanson, Eric R. | 0001 | MTC-00023160
Swanson, Gregory | 0001 | MTC-00022402
Swanson, John | 0001 | MTC-00025394
Swanson, Neal | 0001 | MTC-00022032
Swanson, Scott | 0001 | MTC-00027317
Swanson, Wayne | 0001 | MTC-00019323
Swarts, Kevin | 0002 | MTC-00024545
Swartz, Aaron | 0001 | MTC-00018482
Swartz, Deborah | 0002 | MTC-00031220
Swartz, Jason | 0001 | MTC-00018393
Swartzendruber, Ryan | 0001 | MTC-00016658
Swartzrauber, Sayre | 0001 | MTC-00002916
Swauger, Fred | 0001 | MTC-00011784
Swaum, Thomas | 0001 | MTC-00027625
Swayer, Steve | 0001 | MTC-00032424
Sweard, Bill | 0001 | MTC-00029097
Swearengen, Audrey | 0001 | MTC-00021342
Swearenger, Audrey | 0001 | MTC-00021676
Swearingen, Kevin | 0001 | MTC-00014975
Sween, William R. | 0001 | MTC-00022768
Sweeney, Brian | 0002 | MTC-00031953
Sweeney, D. | 0001 | MTC-00033704
Sweeney, Dave | 0001 | MTC-00022875
Sweeney, Edward | 0001 | MTC-00009726
Sweeney, John | 0001 | MTC-00008860
Sweeney, John | 0002 | MTC-00015323
Sweeney, Kenneth | 0001 | MTC-00033688
Sweeney, Marie | 0001 | MTC-00031046
Sweeney, Thomas Arthur | 0001 | MTC-00007834
Sweet, John M. | 0001 | MTC-00023153
Sweet, Judyth K. | 0002 | MTC-00012566
Sweet, L.J. | 0001 | MTC-00008155
Sweet, LJ | 0001 | MTC-00028012
Sweet, Marilyn | 0001 | MTC-00017884
Sweet, Meriby | 0001 | MTC-00022191
Sweetland, Jesse | 0002 | MTC-00015568
Sweetland, Susan | 0001 | MTC-00029822
Sweetman, James | 0001 | MTC-00011267
Sweetman, Michael | 0001 | MTC-00023890
Sweger, Andrew | 0001 | MTC-00020145
Swenson, Jeff | 0001 | MTC-00004570
Swenson, Susan M. | 0001 | MTC-00007723
Swent, Norm | 0001 | MTC-00007014
Swent, Norm | 0001 | MTC-00013159
Swentek, Scott | 0001 | MTC-00024193
Swerdfeger, Howard | 0002 | MTC-00019986
Swerdfeger, Vern | 0001 | MTC-00012933
Swern, Ruth | 0002 | MTC-00026075
Sweyd, Michael | 0001 | MTC-00026311
Sweyer, Pat | 0001 | MTC-00031586
Sweyer, Walt | 0001 | MTC-00031587
Sweyer, Walt | 0001 | MTC-00005674
Swickard, Joshua | 0001 | MTC-00017692
Swier, Richard | 0002 | MTC-00032446
Swier, richard | 0001 | MTC-00032663
Swift, Joan | 0001 | MTC-00019598
Swift, Myles J. | 0001 | MTC-00010258
Swift, Nolan | 0002 | MTC-00033327
Swift, Patricia | 0001 | MTC-00005902
Swift, Steven | 0002 | MTC-00021165
Swig, Franklin | 0002 | MTC-00032208
Swigger, David | 0002 | MTC-00022367
Swiggum, Thomas | 0001 | MTC-00022257
Swindell, A.B. | 0002 | MTC-00031342
Swing, Rex | 0001 | MTC-00003388
Swing, Rex | 0001 | MTC-00003390
swingc@ msn.com | 0001 | MTC-00024289
Swingley, Christopher | 0001 | MTC-00018217
Swinney, John | 0002 | MTC-00030800
Switzer, Ched | 0001 | MTC-00018528
Swnorris@ attbi.com | 0001 | MTC-00004017
sword121@ hotmail.com | 0001 | MTC-00032299
Swygert, Wayne | 0001 | MTC-00027609
Sydney, Mat | 0001 | MTC-00004842
Syed, Zikria | 0001 | MTC-00006946
Syjoan@ aol.com | 0001 | MTC-00007604
Syka, Andrew | 0001 | MTC-00026017
Sylvester, Robert, Quintan, Marie | 0002 | MTC-00030626
sylviakimbrell@ msn.com | 0001 | MTC-00014521
Symanski, Joseph | 0001 | MTC-00031453
Symens, Paul | 0001 | MTC-00029902
Symionow, Todd | 0002 | MTC-00028396
Symms, Fran | 0001 | MTC-00006974
Symonds, H. N. | 0001 | MTC-00030880
Synan, Chris | 0001 | MTC-00002485
Syndergaard, Ernie | 0001 | MTC-00024608
Sypek, Michael F. | 0001 | MTC-00014008
Sypek, Michael F. | 0001 | MTC-00028201
Syrdahl, Mary | 0001 | MTC-00032739
Syrjala, Loren | 0001 | MTC-00021210
Syska, Andrew J. | 0001 | MTC-00022149
Syverson, Jason | 0001 | MTC-00002509
Syversten, Michael | 0002 | MTC-00023318
Syzszka, Sebastian | 0001 | MTC-00015657
Szakes, Peter | 0001 | MTC-00014478
Szalapski, Rob | 0001 | MTC-00003342
Szanto, Philip | 0001 | MTC-00005783
Szczecinski, Monique | 0001 | MTC-00006773
Szekely, Julie | 0001 | MTC-00022480
Szeman, Janos | 0001 | MTC-00013508
Szenasy, Marinelle K. | 0001 | MTC-00006019
Szewcyck, Stephen | 0002 | MTC-00003375
Szmidt, Steve | 0001 | MTC-00015176
Szoke, Martha | 0002 | MTC-00023958
Szot, Frank | 0001 | MTC-00003305
Szvlik, Peter | 0001 | MTC-00017843
Szymanski, Tom | 0001 | MTC-00011072
Szymczak, Barry | 0002 | MTC-00031664
T.L. | 0001 | MTC-00026070
T.Souza/ToeNee21@ aol.com | 0001 | MTC-00014851
TA | 0002 | MTC-00014186
taa@ greensboro.com | 0001 | MTC-00017310
Tabar | 0001 | MTC-00008143
Tabasko, Mike | 0001 | MTC-00001670
Tabassi, Sanee | 0001 | MTC-00007761
Tabassian, Hamid | 0001 | MTC-00028568
Taber, David | 0002 | MTC-00027929
Taber, Rod | 0002 | MTC-00006894
Tacchi, Torello | 0001 | MTC-00020548
Tachna, Deanna | 0002 | MTC-00032922
Tack, Dylan | 0001 | MTC-00016237
Tacke, Stephen | 0001 | MTC-00027790
Tackett, Duane | 0001 | MTC-00009751
Tackett, Richard | 0001 | MTC-00000899
Tackett, Richard | 0001 | MTC-00005196
Tackett, Richard | 0001 | MTC-00007714
Tackett, Richard | 0001 | MTC-00007719
Taebel, Timothy | 0001 | MTC-00004524
Taflin, Rose Marie | 0001 | MTC-00025578
Tag, Robert P. | 0001 | MTC-00020000
Taggart, Mark | 0001 | MTC-00004763
Taggart, Matt | 0001 | MTC-00023699
Taggart, Thomas P. | 0001 | MTC-00018566
Tahir, Saghir; Johnson, Roger; Gonzalez, Carlos | 0001 | MTC-00031170
Tai | 0001 | MTC-00018821
Tait, Joseph | 0001 | MTC-00007296
Tait, Paul M. | 0002 | MTC-00028361
Tajima, Bob | 0001 | MTC-00003717
Takada, Kevin | 0001 | MTC-00014436
Takada, Pam | 0001 | MTC-00004722
Takahashi, Gary | 0001 | MTC-00019382
Takcett, Norm | 0001 | MTC-00003532
Takei, Joyce | 0001 | MTC-00013884
Takemoto-Sua, Terrie | 0001 | MTC-00012042
Takeuchi, Paul | 0001 | MTC-00001847
Talarczyk, Robert | 0001 | MTC-00032378
Talarczyk, Robert | 0001 | MTC-00007516
Talbot, Donald G. | 0002 | MTC-00014361
talbot, George | 0001 | MTC-00017112
Talbot, John | 0002 | MTC-00003822
Talbot, Jonathon S. | 0001 | MTC-00020200
Talbot, Russ | 0001 | MTC-00001965
Talbott, Robert | 0001 | MTC-00009822
Talcott, Joel | 0001 | MTC-00026795
Talen, Mauro | 0001 | MTC-00011228
Talk, Chuck | 0001 | MTC-00003052
Tallet, Jose | 0001 | MTC-00012634
Talley, Walter | 0001 | MTC-00023697
Talleys | 0001 | MTC-00009000
Tallman, Judy | 0001 | MTC-00008390
Tally, Trevor | 0001 | MTC-00001273
Talmadge, David | 0001 | MTC-00009953
Talmadge, Fred | 0001 | MTC-00021444
Talsma, Jay | 0001 | MTC-00023844
Talsma, Jay | 0001 | MTC-00033354
Tam, K.B. | 0002 | MTC-00014817
Tam, Kim | 0001 | MTC-00005657
Tambe, Asif | 0001 | MTC-00014684
Tamburri, Nick | 0002 | MTC-00001855
Tamm, Jason | 0001 | MTC-00009738
Tamm, Ryan | 0001 | MTC-00031783
tamsky, Marc A. | 0002 | MTC-00018828
Tan, Larry | 0001 | MTC-00002005
Tan, Song | 0002 | MTC-00027098
Tanaka, Jeffrey | 0001 | MTC-00002138
Tanaka, Wayne | 0001 | MTC-00007007
Tanboy, Jonathan | 0001 | MTC-00032404
Tancredi, Bob | 0002 | MTC-00020687
Tandstad, Jens | 0001 | MTC-00010714
tandvl | 0001 | MTC-00025198
tanerfz@ webtv.net | 0001 | MTC-00009974
Taney, Marie | 0001 | MTC-00025902
Tang, Bruce | 0001 | MTC-00015467
Tang, Jessica | 0001 | MTC-00000745
Tangredi, Timothy | 0002 | MTC-00005457
Tanis | 0001 | MTC-00006507
Taniwaki, George | 0001 | MTC-00031112
Tank, James | 0001 | MTC-00009762
Tanne, James | 0001 | MTC-00008339
Tanne, James | 0001 | MTC-00020009
Tanner, Bill | 0001 | MTC-00011128
Tanner, Bob | 0001 | MTC-00004003
Tanner, Edmund | 0001 | MTC-00010027
Tanner, Rob | 0001 | MTC-00018501
Tanschaffler@ aol.com | 0001 | MTC-00014747
Tansky, Ron | 0001 | MTC-00028542
Tansky, Ronald | 0001 | MTC-00017019
Tanuj, T. | 0001 | MTC-00029285
Tanuj, T. | 0001 | MTC-00027430
Tanzillo, John | 0001 | MTC-00025051
Taphorn, Joseph | 0002 | MTC-00033187
Taplin, Seth | 0001 | MTC-00024214
Tapp, Ron | 0001 | MTC-00002957
Tappan, Jonathan | 0001 | MTC-00015765
Tappouni, Julie | 0001 | MTC-00005894
Tarabella, Bob | 0001 | MTC-00013433
Tarantino, Jo | 0001 | MTC-00012518
Tarantino, Paul S. | 0002 | MTC-00001609
Tarbell, John | 0001 | MTC-00012534
Tarbell, Stacey | 0002 | MTC-00004790
Tarbox, Jonathan | 0001 | MTC-00009162
Tardif, Laurent | 0002 | MTC-00012007
Taris, Evelyn | 0001 | MTC-00006314
Tarlow, Doug | 0001 | MTC-00002703
Tarpley, James M. | 0001 | MTC-00010407
Tarr, Chris | 0001 | MTC-00006990
Tarrier, Brenan | 0001 | MTC-00020919
Tarrish, Sonia | 0001 | MTC-00030186
Tarsha, Joe | 0002 | MTC-00003345
Tarsi, David | 0001 | MTC-00002634
tarsky, Daniel | 0001 | MTC-00019641
Tartaglia, Joseph | 0001 | MTC-00029984
Tarvin, Derek | 0001 | MTC-00026954
Tashbook, Michael | 0002 | MTC-00017845
Tashima, Jane | 0001 | MTC-00008375
Tashiro-Choi, Suzana | 0002 | MTC-00030716
Tasker, Douglas | 0001 | MTC-00012605
Tasman, Mitchell | 0002 | MTC-00019949
Tate, Ashley | 0001 | MTC-00013088
Tate, Jim | 0001 | MTC-00010065
Tate, Karl | 0001 | MTC-00015289
Tate, Mahlon | 0001 | MTC-00009109
Tate, Nancy S. | 0002 | MTC-00009566
Tate, Philip | 0001 | MTC-00000675
Tate, Tim | 0001 | MTC-00016905
TateMT@ aol.com | 0001 | MTC-00010478
Tatman, Clyde | 0001 | MTC-00011594
Tatum, John | 0003 | MTC-00004227
Tatum, Josh | 0001 | MTC-00015445
Tatum, Linda | 0001 | MTC-00030853
Tatz, Jim | 0001 | MTC-00015137
Tauassoline, H. | 0001 | MTC-00009024
Taurins, Agris | 0001 | MTC-00016132
Tauro, Richard | 0001 | MTC-00002511
Taurus5164@ aol.com | 0001 | MTC-00007662
Taute, Kevin R. | 0001 | MTC-00015608
Tavassolie, H. | 0001 | MTC-00011913
Tawa, Lawrence S. | 0001 | MTC-00019116
Taxis, Sam | 0001 | MTC-00025089
Tayler, Howard | 0001 | MTC-00025682
Taylor, Joel | 0001 | MTC-00020459
Taylor, Alan | 0001 | MTC-00013848
Taylor, Allen | 0001 | MTC-00020653
Taylor, Brian J. | 0003 | MTC-00015670
Taylor, Calvin | 0001 | MTC-00017956
Taylor, Cam | 0001 | MTC-00026064
Taylor, Cam | 0001 | MTC-00005798
Taylor, Cameron | 0001 | MTC-00009239
Taylor, Carole | 0001 | MTC-00012032
Taylor, Caroline | 0001 | MTC-00006137
Taylor, Carolyn | 0001 | MTC-00013249
Taylor, Clive | 0001 | MTC-00011148
Taylor, David | 0001 | MTC-00025706
Taylor, Debra | 0002 | MTC-00000703
Taylor, Dennis | 0001 | MTC-00019336
Taylor, Dewey W. | 0001 | MTC-00009245
Taylor, Drew | 0001 | MTC-00016072
Taylor, Francine | 0001 | MTC-00018255
Taylor, Greg | 0001 | MTC-00005440
Taylor, Ian | 0001 | MTC-00011629
Taylor, Ian Lance | 0001 | MTC-00011630
Taylor, Ishmel | 0001 | MTC-00010534
Taylor, James D. | 0001 | MTC-00000570
Taylor, James F. | 0002 | MTC-00033690
Taylor, Jerry | 0001 | MTC-00030572
Taylor, Joe II | 0001 | MTC-00007999
Taylor, Jonathan | 0001 | MTC-00013907
Taylor, Kevin | 0003 | MTC-00023711
Taylor, Lana | 0001 | MTC-00023588
Taylor, Lester & Pamela | 0001 | MTC-00030189
Taylor, Lester and Pam | 0001 | MTC-00029049
Taylor, Lynwood | 0001 | MTC-00031457
Taylor, Michael | 0001 | MTC-00012545
Taylor, Mark | 0001 | MTC-00006250
Taylor, Marlene | 0007 | MTC-00029988
Taylor, Matthew | 0001 | MTC-00025824
Taylor, Michael | 0001 | MTC-00018625
Taylor, Mike | 0001 | MTC-00010685
Taylor, Paul | 0001 | MTC-00000768
Taylor, R. | 0001 | MTC-00003679
Taylor, Richard | 0002 | MTC-00032495
Taylor, Robert | 0001 | MTC-00006727
Taylor, Robert M. | 0001 | MTC-00009518
Taylor, Robert M. Jr. | 0001 | MTC-00022158
Taylor, Rodney | 0001 | MTC-00030324
Taylor, Sam | 0001 | MTC-00002816
Taylor, Scott R. | 0001 | MTC-00004053
Taylor, Suzanne | 0002 | MTC-00026869
Taylor, T.E. | 0001 | MTC-00023217
Taylor, Theresa A. | 0001 | MTC-00011322
Taylor, Tom | 0001 | MTC-00021649
Taylor, Warren | 0001 | MTC-00012145
Taylor, Warren F. | 0002 | MTC-00004322
Taylor, Warren F. | 0001 | MTC-00025419
Taylor, Wesley | 0002 | MTC-00026026
Taylor, Will | 0001 | MTC-00029618
Taylor, William | 0001 | MTC-00000291
Tayyeb, Arshad | 0001 | MTC-00023246
Tazanator | 0001 | MTC-00024490
tbe@ ingeroll.com | 0001 | MTC-00028144
TC | 0001 | MTC-00018442
tcrech@ juno.com | 0001 | MTC-00028370
TDavis3433@ aol.com | 0001 | MTC-00011779
TDill@ rochester.rr.com | 0001 | MTC-00028230
Teague, Brian | 0001 | MTC-00017940
Teague, Melanie | 0001 | MTC-00033864
Teague, Shawn | 0001 | MTC-00016470
Teater, Angela | 0001 | MTC-00022975
tebishop@ pplweb.com | 0001 | MTC-00000454
Techentin, Robert W. | 0001 | MTC-00023770
Technomage | 0001 | MTC-00019874
Tecklenburg, Ronald E. | 0001 | MTC-00026678
Ted | 0002 | MTC-00014056
Tedd, Kelley G. | 0001 | MTC-00004272
Teddysea@ aol.com | 0001 | MTC-00011187
Tedha@ aol.com | 0001 | MTC-00003919
Tedrick, James | 0001 | MTC-00015077
Tedrow, William | 0001 | MTC-00029057
tee@ nonantum.com | 0001 | MTC-00010889
Teebagy, Stephen | 0002 | MTC-00032346
Teegerstrom, Jim | 0001 | MTC-00020439
Teel, Nancy | 0001 | MTC-00021477
Teerling, Lois | 0001 | MTC-00011907
Teese, Bob | 0001 | MTC-00002155
Teevens, Jerome | 0001 | MTC-00025121
tefzel@ earthlink.net | 0001 | MTC-00028634
Teger, John | 0002 | MTC-00009446
Teggut, John | 0002 | MTC-00024385
Teh, Wai Seen | 0001 | MTC-00010777
tehart1@ emeritech.net | 0001 | MTC-00014687
Teherani, Kooros | 0001 | MTC-00013277
TEHSHEEL@ aol.com | 0001 | MTC-00005680
Teicher, Sheldon | 0002 | MTC-00000196
Teisan, George | 0001 | MTC-00006064
Teisch, Robert | 0001 | MTC-00007118
Teitel, Jeff | 0001 | MTC-00018675
Teixeira, Anne | 0001 | MTC-00027274
Tekakwitha.conference@ worldnet.itt.net | 0001 | MTC-00017263
Telasha, David P. | 0001 | MTC-00025537
Telfer, Christopher | 0001 | MTC-00018829
Telford, Daniel | 0001 | MTC-00005210
Teliatnikov, Ivan | 0001 | MTC-00003765
telittleb@ juno.com | 0001 | MTC-00027119
Tell, Del | 0001 | MTC-00026399
Tellechea, Esther | 0002 | MTC-00029740
Teller, Ed | 0002 | MTC-00024752
Telling, Harry Bart | 0001 | MTC-00018830
Tello, Victor | 0001 | MTC-00029242
Temeles, POenny | 0001 | MTC-00031120
Temmink, Rik | 0001 | MTC-00006663
Tempas, Jeff | 0001 | MTC-00004206
Tempel, Bob | 0001 | MTC-00008203
Temple, Edmond | 0001 | MTC-00022713
Temple, Elliot | 0001 | MTC-00020257
Templeton, Brian | 0001 | MTC-00016577
Tempus, Praedor | 0001 | MTC-00001802
Tempus, Praedor | 0001 | MTC-00012831
ten Berge, Jeroen | 0001 | MTC-00003125
TenBrook, Warren | 0001 | MTC-00023907
Teng, Barnard Eh Lai | 0001 | MTC-00020343
Tennent, Mark | 0001 | MTC-00004443
Tennis, Clarence | 0001 | MTC-00002525
Tennis, Ricahrd | 0001 | MTC-00021852
Tennison, James | 0002 | MTC-00027834
Tenore, Fred | 0001 | MTC-00027909
Tenore, Fred | 0001 | MTC-00027938
Tenore, Terri | 0001 | MTC-00027926
Tepper, Dan | 0001 | MTC-00027680
Tepper, Steve | 0003 | MTC-00020390
Teran, Oskar | 0001 | MTC-00017977
Terborg, Doulas | 0001 | MTC-00020010
Terebecki, Steve | 0002 | MTC-00032037
Terhune, Jennifer | 0001 | MTC-00012257
Terhune, Matthew | 0001 | MTC-00012358
Termini, Tom | 0001 | MTC-00016983
Terpening, Gerard | 0001 | MTC-00010510
Terrell, Rob | 0001 | MTC-00027567
Terret, David | 0001 | MTC-00004905
Terry, Charles W. | 0001 | MTC-00007862
Terry, Kelley | 0001 | MTC-00026594
Tersteeg, Charles R. | 0001 | MTC-00015133
terwin1@ juno.com | 0001 | MTC-00021999
Teryl, Paul F. | 0001 | MTC-00005615
Tesch, Michael | 0001 | MTC-00018285
Tesky, Mark | 0001 | MTC-00023050
Tessner, Ingeborg | 0001 | MTC-00007934
Testa, Anthony | 0001 | MTC-00000613
Testa, Anthony | 0001 | MTC-00008467
Testa, Tom | 0001 | MTC-00015194
testass8@ aol.com | 0001 | MTC-00014513
Tester, Brian | 0001 | MTC-00001569
Tester, Helen | 0001 | MTC-00030551
Testerman, Joe | 0002 | MTC-00008574
Teter, Dixon | 0001 | MTC-00027207
Teter, Dixon | 0001 | MTC-00008316
Teter, Dixon | 0002 | MTC-00019570
Tetlow, Gordon | 0001 | MTC-00017115
Tetrault, Elwood & Ellen | 0001 | MTC-00009793
Tetrault, Tom | 0001 | MTC-00022348
Tetrice, Scott | 0001 | MTC-00016832
Tetterton, Kelly | 0001 | MTC-00022379
Tetzlaff, Thomas | 0001 | MTC-00019018
Teurfs, Roger | 0001 | MTC-00031076
Teuscher, Alma | 0002 | MTC-00033175
Teutsch, Michael | 0002 | MTC-00033252
Tewkesbury, Ted | 0001 | MTC-00018521
TEX10101@ aol.com | 0001 | MTC-00006795
Texidor, Dora | 0002 | MTC-00031591
Texmur01@ interderv.com | 0001 | MTC-00010882
Texpop@ aol.com | 0001 | MTC-00006140
tft@ eudoramail.com | 0001 | MTC-00001198
Thabet, Ernest | 0001 | MTC-00032853
Thacker, Bill | 0001 | MTC-00006054
Thacker, Robert W. | 0001 | MTC-00011966
Thakortarv@ aol.com | 0001 | MTC-00007703
Thale, Jim | 0001 | MTC-00002534
Thale, Jim S. | 0001 | MTC-00013574
Thamaraiselvan, P. | 0001 | MTC-00010560
Thameo, James | 0001 | MTC-00022481
thames@ iland.net | 0001 | MTC-00021420
Tharp, David | 0001 | MTC-00013412
Thatcher, Conley S. | 0001 | MTC-00011443
Thatcher, Scott | 0001 | MTC-00018404
Thatchet, Richard | 0001 | MTC-00021425
The Amazing Llama | 0002 | MTC-00033687
The American Antitrust Institute (AAI) | 0044 | MTC-00030600
The Doctor What | 0001 | MTC-00015800
The Dogs of War | 0001 | MTC-00015912
The Gallis | 0001 | MTC-00003401
The Intinidator | 0001 | MTC-00007216
The Keating Family | 0002 | MTC-00024937
The Lamoses | 0001 | MTC-00011948
THe Petzall's | 0001 | MTC-00007626
The Progress and Freedom Foundation/Eisenbach, J., Leonard, T | 0031 | MTC-00030606
The Stillmans | 0001 | MTC-00021868
The, Steven | 0001 | MTC-00021890
The1stBA@ aol.com | 0001 | MTC-00006479
THEBL@ aol.com | 0001 | MTC-00011799
theblackotter | 0001 | MTC-00025186
Thebo, Edward and Alice | 0001 | MTC-00007147
Thedford, Tony | 0001 | MTC-00002716
Thedford, Tony | 0001 | MTC-00002899
Thedy, Harmon | 0001 | MTC-00026352
Thedy, Joyce | 0001 | MTC-00029620
Thedy, Joyce | 0001 | MTC-00026341
Theisen, Rose and Charles | 0001 | MTC-00023539
TheL1Ranger | 0002 | MTC-00027497
Thelen, Lance | 0001 | MTC-00031996
Thelitke@ juno.com | 0001 | MTC-00026882
Then, Edwison | 0001 | MTC-00014828
Theniault, Louis | 0001 | MTC-00029641
Theobald, Kevin | 0001 | MTC-00017035
Theoret, Guillaume | 0001 | MTC-00015313
thepommo@ aol.com | 0001 | MTC-00009209
Theriault, Jacques | 0001 | MTC-00022483
Theriault, Jim | 0001 | MTC-00003055
Theriault, Joe | 0001 | MTC-00020080
Thernes, Keith | 0009 | MTC-00016439
Theroidboy | 0001 | MTC-00001781
TheSiys@ aol.com | 0001 | MTC-00007441
Thibault, Steven | 0001 | MTC-00015162
Thibault, Steven | 0001 | MTC-00015167
Thibeault, Jim | 0001 | MTC-00020442
Thibodeau, John | 0001 | MTC-00011047
Thibodeau, Mike | 0001 | MTC-00008741
Thids, Carlton | 0003 | MTC-00026930
Thieke, Robert | 0001 | MTC-00015970
Thiel, Dianna | 0001 | MTC-00032051
Thiel, Leilah | 0001 | MTC-00018354
Thiel, Stuart | 0002 | MTC-00012095
Thieme, David | 0003 | MTC-00010728
Thien, Glae | 0001 | MTC-00014060
Thiesen, Tom | 0001 | MTC-00006565
Thiesen, Tom | 0001 | MTC-00023835
Thiesmeyer, Kirt | 0001 | MTC-00022611
Thigpen, Jamie | 0001 | MTC-00021229
Thode, Henry | 0002 | MTC-00033589
Thoennes, Mark | 0001 | MTC-00002563
Tholfsen, Paul | 0002 | MTC-00008932
Thom, Nathan | 0001 | MTC-00023265
Thomas J. Kempkes | 0001 | MTC-00019750
Thomas, Allen G. | 0001 | MTC-00001599
Thomas, Ben | 0001 | MTC-00020889
Thomas, Benjamin B. | 0002 | MTC-00028837
Thomas, Beverly | 0001 | MTC-00030695
Thomas, Blake Wesley | 0001 | MTC-00018812
Thomas, Bud | 0001 | MTC-00032544
Thomas, Carl | 0002 | MTC-00033226
Thomas, Cynthia | 0001 | MTC-00008898
Thomas, Darin | 0001 | MTC-00017913
Thomas, Dave | 0001 | MTC-00031925
Thomas, David | 0001 | MTC-00031995
Thomas, Eric | 0001 | MTC-00033200
Thomas, Freddy | 0002 | MTC-00027959
Thomas, George | 0001 | MTC-00005838
Thomas, Gerald G. | 0001 | MTC-00010648
Thomas, Harold | 0001 | MTC-00003230
Thomas, Harry A. | 0001 | MTC-00031554
Thomas, J.T. | 0001 | MTC-00024696
Thomas, Jason | 0004 | MTC-00025113
Thomas, Jeff | 0001 | MTC-00015524
Thomas, Jim | 0001 | MTC-00008453
Thomas, Joe and Lynne | 0001 | MTC-00012581
Thomas, John | 0002 | MTC-00026979
Thomas, Julian | 0001 | MTC-00018491
Thomas, Justin | 0002 | MTC-00012897
Thomas, K. | 0001 | MTC-00010472
Thomas, Lincoln | 0001 | MTC-00027329
Thomas, Lynn | 0001 | MTC-00019236
Thomas, Mason | 0005 | MTC-00025491
Thomas, Mason | 0007 | MTC-00030468
Thomas, Maureen | 0002 | MTC-00004913
Thomas, Micahel C. | 0001 | MTC-00025590
Thomas, Michael J. | 0002 | MTC-00024513
Thomas, Myron | 0002 | MTC-00024081
Thomas, Norm | 0001 | MTC-00008176
Thomas, Ralph S. | 0001 | MTC-00016105
Thomas, Robert | 0001 | MTC-00026243
Thomas, Robin | 0001 | MTC-00010775
Thomas, Scott | 0002 | MTC-00030940
Thomas, Stanley W. and Nancy G | 0001 | MTC-00014017
Thomas, Stephen | 0001 | MTC-00001979
Thomas, Stu | 0001 | MTC-00005096
Thomas, Stuart P. | 0001 | MTC-00016364
Thomas, Stuart P. | 0001 | MTC-00003905
Thomas, Tim | 0001 | MTC-00025761
Thomas, Tom and Karin | 0001 | MTC-00010184
Thomas, W. | 0001 | MTC-00030619
Thomas, W. J. | 0001 | MTC-00030876
Thomas, Zane | 0001 | MTC-00019901
thomas.desmond@ usa.xeros.com | 0001 | MTC-00021975
thomasnbrooks@ hotmail.com | 0001 | MTC-00017327
Thomason, Warren | 0001 | MTC-00016822
Thomassen, Norm | 0001 | MTC-00006331
Thome, Mark | 0001 | MTC-00020152
Thome, Mark | 0001 | MTC-00011992
Thome, Michael | 0001 | MTC-00015278
Thomes, John | 0002 | MTC-00014460
Thompson, Al | 0002 | MTC-00015070
Thompson, Alan | 0001 | MTC-00020269
Thompson, Alan | 0001 | MTC-00028490
Thompson, Alfred | 0002 | MTC-00020908
Thompson, Andrew | 0001 | MTC-00006923
Thompson, Anthony | 0001 | MTC-00011738
Thompson, Arthur | 0001 | MTC-00007583
Thompson, Barbara | 0001 | MTC-00012828
Thompson, Barbara | 0001 | MTC-00012826
Thompson, Barbara | 0001 | MTC-00031386
Thompson, Ben | 0001 | MTC-00001467
Thompson, Betty | 0001 | MTC-00007996
Thompson, Bill | 0001 | MTC-00018735
Thompson, Bob | 0001 | MTC-00023227
Thompson, Bob | 0003 | MTC-00004174
Thompson, Bob | 0001 | MTC-00023789
Thompson, Bryan | 0001 | MTC-00000430
Thompson, Clayton K. | 0001 | MTC-00005610
Thompson, Cole | 0001 | MTC-00000519
Thompson, Cole D. | 0001 | MTC-00033820
Thompson, Dan | 0001 | MTC-00025658
Thompson, David | 0001 | MTC-00005013
Thompson, David | 0001 | MTC-00031522
Thompson, Dennis | 0001 | MTC-00019561
Thompson, Dennis | 0001 | MTC-00006977
Thompson, Don | 0001 | MTC-00005898
Thompson, Eric | 0001 | MTC-00027835
Thompson, Gerald | 0001 | MTC-00004248
Thompson, Gerald | 0001 | MTC-00011016
Thompson, Gerald | 0001 | MTC-00019862
Thompson, Haley | 0001 | MTC-00019805
Thompson, Harold J. | 0001 | MTC-00013039
Thompson, Harry | 0001 | MTC-00014355
Thompson, Ivan | 0001 | MTC-00021863
Thompson, James | 0001 | MTC-00009457
Thompson, James | 0001 | MTC-00012423
Thompson, James Loren | 0001 | MTC-00012516
Thompson, Jean | 0001 | MTC-00008206
Thompson, Jean | 0001 | MTC-00012613
Thompson, Jean | 0001 | MTC-00000892
Thompson, Joe | 0001 | MTC-00012362
Thompson, Jon | 0002 | MTC-00010300
Thompson, Josh | 0001 | MTC-00017065
Thompson, Juelle | 0001 | MTC-00008319
THompson, Karen | 0001 | MTC-00024955
Thompson, Kate | 0001 | MTC-00026759
Thompson, Ken | 0001 | MTC-00019772
Thompson, Larry | 0001 | MTC-00006245
Thompson, Larry | 0001 | MTC-00011458
Thompson, Les | 0001 | MTC-00032406
Thompson, Loren | 0001 | MTC-00013276
Thompson, Marcia Pena | 0001 | MTC-00013530
Thompson, Margie | 0001 | MTC-00005862
Thompson, MaryAnn | 0001 | MTC-00020743
Thompson, MaryAnn | 0001 | MTC-00032744
Thompson, Michael | 0001 | MTC-00013432
Thompson, Michael | 0002 | MTC-00031634
Thompson, Michael T. | 0002 | MTC-00013768
Thompson, Mike | 0001 | MTC-00017801
Thompson, Patrice | 0001 | MTC-00000772
Thompson, Patricia | 0002 | MTC-00033239
Thompson, Peter L. | 0001 | MTC-00022556
Thompson, Ray | 0001 | MTC-00001528
Thompson, Raymond | 0001 | MTC-00024390
Thompson, Rick | 0001 | MTC-00015019
Thompson, Rick | 0001 | MTC-00019643
Thompson, Robert | 0001 | MTC-00007199
Thompson, Robert | 0001 | MTC-00013298
Thompson, Scott | 0001 | MTC-00023170
Thompson, Sharon | 0001 | MTC-00022962
Thompson, Steve | 0002 | MTC-00002489
Thompson, Steven | 0001 | MTC-00000691
Thompson, Sumner | 0001 | MTC-00013034
Thompson, Will | 0002 | MTC-00031951
Thompson, William | 0001 | MTC-00007598
Thompson, William G. | 0001 | MTC-00015594
Thomsen, Alexander and Florence | 0001 | MTC-00008616
Thomser, Roy A. | 0001 | MTC-00007940
Thomson, Bill | 0002 | MTC-00009748
Thomson, Dana | 0001 | MTC-00014346
Thomson, Paul | 0001 | MTC-00002142
Thomy, Greg | 0001 | MTC-00033380
Thomy, Gregory | 0001 | MTC-00022073
Thon, Steven G. | 0001 | MTC-00027446
Thon, Thomas | 0001 | MTC-00006793
Thong, Neto | 0001 | MTC-00020334
Thorbz@ aol.com | 0001 | MTC-00005892
Thorbz@ aol.com | 0001 | MTC-00011567
Thorell, Nils | 0001 | MTC-00013346
Thorn, Bill | 0001 | MTC-00016458
Thorn, Dale | 0001 | MTC-00019439
Thorn, Fred | 0001 | MTC-00025953
Thorn, Irving | 0002 | MTC-00033233
Thornau, Bryan | 0001 | MTC-00001861
Thornburg, Judy | 0001 | MTC-00027792
Thornburg, Robert | 0001 | MTC-00015687
Thorne, David | 0001 | MTC-00014616
Thorne, Mark | 0001 | MTC-00007817
Thorne, Miste | 0006 | MTC-00028372
Thorne, Mister | 0001 | MTC-00005553
Thorne, Mister | 0001 | MTC-00008711
Thorns, Jeffrey | 0001 | MTC-00003711
Thornton, Deano | 0002 | MTC-00029907
Thornton, Elaine | 0001 | MTC-00031801
Thornton, Kirby | 0002 | MTC-00028864
Thornton, Merton | 0001 | MTC-00026229
Thornton, Rod | 0001 | MTC-00031306
Thornton, Shelby | 0001 | MTC-00022190
Thornton, Thomas and Beverly | 0001 | MTC-00014728
Thornton, Thomas and Beverly | 0001 | MTC-00031770
Thorp, Coy | 0001 | MTC-00017169
Thorpe, James A. | 0001 | MTC-00023333
Thorson, Bill | 0002 | MTC-00022617
Thorteran, Erik | 0001 | MTC-00014253
Thorton, Carl | 0002 | MTC-00033229
Thorup, Paul C. | 0002 | MTC-00030084
Thorup< Suzanne F. | 0002 | MTC-00030068
Thrasher, David | 0002 | MTC-00033648
Thrasher, Jim | 0001 | MTC-00021008
Thrasher, Jim | 0001 | MTC-00032697
Threadgill, Cecil | 0001 | MTC-00029110
Threatt, Charles and Gayla | 0001 | MTC-00023076
Threatte, Allen | 0001 | MTC-00025907
Throneberry, Lisa | 0001 | MTC-00028268
Thrun, Robert | 0005 | MTC-00014413
Thum, David | 0001 | MTC-00029123
Thumen, Lorenzo | 0001 | MTC-00028547
Thunderhead@ aol.com | 0001 | MTC-00003531
Thune, Bob | 0001 | MTC-00003322
Thune, Robert and Jan | 0001 | MTC-00010308
Thurlow, Carolyn | 0001 | MTC-00016791
Thurlow, David | 0001 | MTC-00012008
Thurlow, John | 0002 | MTC-00029407
Thurman, Karen | 0001 | MTC-00028412
Thurman, Travis | 0002 | MTC-00028404
Thurmond, Marvin | 0001 | MTC-00007707
Thurmond, Patrick | 0001 | MTC-00004392
Thurmond, Patrick | 0001 | MTC-00023064
Thurnau, Bryan | 0001 | MTC-00004324
Thurston, David W. | 0001 | MTC-00015668
Thurston, Douglas L. | 0002 | MTC-00031484
Thurston, Dylan | 0002 | MTC-00027000
Thutt, Paul | 0002 | MTC-00033673
Tibbetts, Marvin | 0001 | MTC-00006476
Tibor, Jerry | 0002 | MTC-00001009
Tibor, Jerry | 0004 | MTC-00001317
Tickle, Spike | 0001 | MTC-00021051
Tickton, Stanley | 0001 | MTC-00002607
Tidball, Tony | 0001 | MTC-00005979
Tidd, Randy | 0001 | MTC-00024120
Tidd, Richard | 0001 | MTC-00018524
Tidwell, Dean | 0001 | MTC-00003196
Tidwell, Ed | 0002 | MTC-00004735
Tidwell, Ed | 0003 | MTC-00003086
Tidwell, Ella | 0001 | MTC-00011336
Tidwell, Jeffrey R. | 0002 | MTC-00031565
Tiede, John | 0002 | MTC-00022298
Tiede, John W. | 0002 | MTC-00031980
Tiedje, Christopher | 0001 | MTC-00002061
Tien, Allen | 0004 | MTC-00026909
Tiernan, Jim | 0001 | MTC-00006522
Tierney, Andrew | 0001 | MTC-00018598
Tierney, James G. | 0002 | MTC-00032143
Tietjen, Richard | 0001 | MTC-00018372
Tietjen, Scott | 0001 | MTC-00024461
Tietjens, Richard | 0001 | MTC-00019297
Tietsort, Jeremy | 0001 | MTC-00017488
Tighe, Bryan | 0002 | MTC-00026003
Tighe, Richard | 0001 | MTC-00008048
Tignanelli, Andrew | 0001 | MTC-00006247
Tilden, Doug | 0001 | MTC-00007170
Tile, George | 0001 | MTC-00011168
Till, Milton | 0001 | MTC-00005396
Tilleman, Don | 0001 | MTC-00000398
Tillerson, Agnes | 0001 | MTC-00002751
Tillerson, Agnes and Leonard | 0001 | MTC-00010150
Tillerson, Leonard | 0001 | MTC-00032831
TIllerson, Leonard and Agnes | 0001 | MTC-00011007
Tillerson, Leonard and Agnes | 0002 | MTC-00032185
Tilles, Lois | 0001 | MTC-00007855
Tilles, Lois | 0001 | MTC-00011502
Tilley, Matthew | 0001 | MTC-00031468
Tilley, R. Bradley | 0001 | MTC-00024039
Tillman, Don | 0002 | MTC-00001409
Tillman, Gordon | 0001 | MTC-00002667
Tilly, Ben | 0002 | MTC-00002479
Tilton, Russell | 0001 | MTC-00024644
Tilton, William T. | 0002 | MTC-00020129
Tilwalli, Nikkil | 0002 | MTC-00016984
Tim | 0001 | MTC-00010328
Tim | 0002 | MTC-00019662
tim.balder@ hickorytech.com | 0001 | MTC-00014569
Timberlake, Bruce | 0003 | MTC-00016553
Timberlake, Bruce | 0002 | MTC-00031858
Timdale, Lu | 0001 | MTC-00002629
timewarpp@ earthlink.net | 0001 | MTC-00006447
Timlin, Robert E. Jr. | 0004 | MTC-00011156
Timm, Marie | 0001 | MTC-00014046
Timmons, Jack | 0001 | MTC-00008710
Timmons, L. M. | 0001 | MTC-00032374
Timo, Henry | 0001 | MTC-00018864
tinbloom@ mac.com | 0001 | MTC-00026184
Tindale, Lu | 0001 | MTC-00001793
Tingery, Allan | 0001 | MTC-00008274
Tinker, George | 0001 | MTC-00006799
Tinkham, Lynda | 0001 | MTC-00022119
Tinnell, William | 0001 | MTC-00005535
Tinsley, Charles | 0001 | MTC-00020312
Tinsley, Jim | 0001 | MTC-00005802
Tio, Debbie | 0001 | MTC-00026414
Tipton, Louis | 0001 | MTC-00020959
Tiry, David | 0001 | MTC-00012166
Tiry, David | 0001 | MTC-00009637
Tisch, Thomas A. | 0001 | MTC-00033860
Tisch, Tom | 0001 | MTC-00028887
Tisdale, Michael | 0002 | MTC-00017085
Tishler, Gary | 0001 | MTC-00031525
Tittsworth, Clint | 0001 | MTC-00020812
Titus, Jason | 0001 | MTC-00015312
Titus, Joan B. | 0002 | MTC-00023276
Tiwalli, Shilpa | 0002 | MTC-00024473
tj1840 | 0001 | MTC-00021591
Tje Talleys | 0001 | MTC-00032396
Tjmaryhara@ aol.com | 0001 | MTC-00011987
tjok@ pocketmail.com | 0001 | MTC-00008762
Tkach, John R. | 0001 | MTC-00007429
tlerb@ aol.com | 0001 | MTC-00028058
Tlpcook57@ aol.com | 0001 | MTC-00006156
TMAC | 0001 | MTC-00003981
tmartsun@ aol.com | 0001 | MTC-00028172
tmat032849@ aol.com | 0001 | MTC-00021441
TMB999@ aol.com | 0001 | MTC-00007666
Tnong, Martin | 0001 | MTC-00001967
TNsig@ aol.com | 0001 | MTC-00008232
To, Wyatt | 0001 | MTC-00005480
Toarud, Jeff | 0001 | MTC-00013974
Tober, Bradley K. | 0001 | MTC-00023232
Tobias, Keith | 0001 | MTC-00005876
Tobin, Frank | 0001 | MTC-00018871
Toboloski, J. | 0001 | MTC-00007243
Toby | 0001 | MTC-00017971
Toczek, Matthew | 0001 | MTC-00004716
Todd | 0001 | MTC-00015697
Todd, Carol D. | 0001 | MTC-00001128
Todd, Carol J. | 0001 | MTC-00006583
Todd, Charles | 0001 | MTC-00001129
Todd, Charles B. | 0001 | MTC-00011429
Todd, Charlton | 0001 | MTC-00012316
Todd, David | 0001 | MTC-00001345
Todd, Ginger | 0001 | MTC-00030459
Todd, Howard | 0001 | MTC-00005684
Todd, Mary | 0001 | MTC-00022868
Todd, Ryan | 0001 | MTC-00016266
Todsen, William P. | 0001 | MTC-00001110
Tofslie, Wayne | 0001 | MTC-00027105
Toft, George | 0001 | MTC-00026762
Tognetti, Ronald | 0001 | MTC-00009977
Toia, Matthew | 0001 | MTC-00023430
Tol, Hendrick | 0001 | MTC-00027030
Tolan, Esther | 0001 | MTC-00007352
Toland, Paul | 0001 | MTC-00012322
Tolar, James | 0001 | MTC-00022069
Tolen, harry | 0001 | MTC-00024278
Toll, Audrey | 0001 | MTC-00023259
Toll, Edward W. | 0001 | MTC-00012983
Tolland, A.J. | 0001 | MTC-00016723
Tollefsen, John J. | 0001 | MTC-00001176
Tollefson, Jane | 0001 | MTC-00030560
Tolleson, Robert | 0001 | MTC-00008020
Tollofson, Jim | 0001 | MTC-00020086
Tolman, Calvin | 0002 | MTC-00027575
Tolnas, Barry | 0001 | MTC-00024588
Tolson, Jonathan | 0001 | MTC-00025171
Tolson, Jonathan | 0001 | MTC-00025237
Tom | 0001 | MTC-00001316
Tom | 0001 | MTC-00001771
Tom | 0001 | MTC-00024158
Tom | 0001 | MTC-00021362
Tom and Nancy | 0001 | MTC-00009461
Tom T. | 0001 | MTC-00022438
Tom, Betsy | 0001 | MTC-00023511
Tom, Judity | 0001 | MTC-00014307
tom.moore@ jname.com | 0001 | MTC-00010380
Tom@ Abacurial.com | 0002 | MTC-00032367
tom@ wtg.usdoj.gov | 0001 | MTC-00000960
tom@ wtg.usdoj.gov, Hull, Tom | 0007 | MTC-00027530
Tomal, Bob | 0001 | MTC-00011650
tomas.palmer@ i—codesmith.com | 0001 | MTC-00028099
Tomaschuk, Rick | 0001 | MTC-00001041
Tomaszek, Katherine | 0002 | MTC-00031718
Tombolini, Francesco | 0001 | MTC-00003101
Tomchin, Edward | 0002 | MTC-00024640
Tomek, Barbara | 0001 | MTC-00009489
Tomesch, Dave | 0001 | MTC-00008682
Tomich, Shirley | 0001 | MTC-00033456
Tomisak, Donald | 0001 | MTC-00006519
Tomlinson, David | 0001 | MTC-00026062
Tomlinson, Linda | 0001 | MTC-00031017
Tomlinson, Ronald | 0001 | MTC-00023954
Tomori, Paul | 0002 | MTC-00025218
Tompkins, Bob | 0001 | MTC-00000245
Tompkins, Elise | 0001 | MTC-00023826
Tompkins, Eric | 0001 | MTC-00016917
Tompkins, Jerry | 0001 | MTC-00018734
Tompkins, Jerry W. | 0002 | MTC-00001234
Tomsevics, Ilze | 0001 | MTC-00007102
Tomson, Phil | 0002 | MTC-00024822
tom—talbot@ hotmail.com | 0001 | MTC-00028131
Toner, BIll | 0003 | MTC-00000746
Tonkin, Bill | 0001 | MTC-00017490
Tonkin, E. | 0002 | MTC-00021046
Tonn, Randell E. | 0001 | MTC-00021688
Tonner, Edward | 0001 | MTC-00002149
Tonseth, Wiliam | 0001 | MTC-00019378
Tony | 0001 | MTC-00001964
Tony | 0001 | MTC-00006224
tonyfriednly@ iscweb.com | 0001 | MTC-00016013
Toohey, Michael S. | 0001 | MTC-00019140
Tooker, T. C. | 0001 | MTC-00026850
Toole, Bill | 0001 | MTC-00018306
Toole, James W. | 0001 | MTC-00005708
Toole, Sanford | 0001 | MTC-00013427
Tooley, Eric | 0001 | MTC-00024731
Toon, David | 0001 | MTC-00030912
Topilow, Harvey W. | 0001 | MTC-00007667
Topilow, Harvey W. | 0001 | MTC-00025043
Topjian, Joe | 0001 | MTC-00015722
Topolinski, Norma | 0001 | MTC-00022304
Toporek, Stan | 0001 | MTC-00003254
Toppel, Marc Alexander | 0001 | MTC-00008570
Topper, William K. | 0001 | MTC-00007669
Torborg, Tadd | 0001 | MTC-00001758
Torchia, Frank | 0001 | MTC-00020738
Torgerson, Chris | 0001 | MTC-00003348
Torgerson, Chris | 0001 | MTC-00023533
Tormey, Pat | 0001 | MTC-00008757
Tornero, Santiago A. | 0001 | MTC-00010841
Torngren, Patricia | 0001 | MTC-00014342
Torraca, Louis | 0001 | MTC-00026770
Torrence, John | 0002 | MTC-00024931
Torres, Chrystal | 0001 | MTC-00027398
Torres, Juan C. | 0001 | MTC-00023794
Torres, Mary Ellen | 0001 | MTC-00028307
Torres, Sam | 0001 | MTC-00008164
Torres, Wilfredo | 0001 | MTC-00001943
Tortolani, Julia | 0002 | MTC-00002280
Tortoriello, Mary | 0001 | MTC-00022163
Toscano, Pete | 0001 | MTC-00020654
Toscano, Sergio | 0001 | MTC-00031467
Toth, Juan Carlos | 0001 | MTC-00019577
Toth, Laszlo | 0001 | MTC-00019984
Toth, Steve | 0001 | MTC-00003969
Totic, Aleks | 0003 | MTC-00029290
Totten, David Laura | 0001 | MTC-00017389
Totten, Gerald | 0001 | MTC-00032682
Tovar, Antony | 0002 | MTC-00001946
Tovar, Carole | 0001 | MTC-00030456
Tovar, Carole | 0001 | MTC-00030457
Tow, Steve | 0002 | MTC-00018499
Tower, Peter | 0001 | MTC-00003234
Towers, Ron | 0001 | MTC-00006397
Towle, Andrew | 0001 | MTC-00015297
Towle, Thomas J. | 0001 | MTC-00014234
Towne, Dennis | 0001 | MTC-00003864
Towner, Erin | 0001 | MTC-00017394
Townley, D. M. | 0001 | MTC-00008974
Towns, Darryl C. | 0001 | MTC-00030411
Townsend Phinn | 0001 | MTC-00005906
Townsend, Andrew | 0001 | MTC-00003975
Townsend, Bob | 0001 | MTC-00004062
Townsend, Carroll | 0001 | MTC-00010286
Townsend, John | 0001 | MTC-00009920
Townsend, Kenneth | 0001 | MTC-00026929
Townsend, Larry | 0001 | MTC-00008737
Townsend, Lawrence G. | 0004 | MTC-00031187
Townsend, Michael | 0001 | MTC-00016474
Townsend, Polly J. | 0001 | MTC-00020540
Townsend, Raymond | 0001 | MTC-00000402
Townsend, Richard | 0001 | MTC-00012599
Townsend, Roger | 0001 | MTC-00023601
Townsend, Steve | 0001 | MTC-00029259
Towson, Joe | 0001 | MTC-00031404
Toycop | 0002 | MTC-00024135
TPapandrea@ aol.com | 0001 | MTC-00007104
tpatti@ mindspring.com | 0001 | MTC-00010910
Traber, John E. | 0001 | MTC-00006564
Traber, Marilyn | 0001 | MTC-00002922
Tracey, Dominic P. | 0001 | MTC-00000386
Tracey, Matt | 0001 | MTC-00009997
Tracey, Rosemary | 0001 | MTC-00027759
Trachsel, Steven W. | 0001 | MTC-00002435
Tracy, James | 0001 | MTC-00027441
Tracy, James | 0001 | MTC-00033538
Tracy, Kevin | 0001 | MTC-00005094
Tracy, Whitney A. | 0001 | MTC-00025295
Tragen, Helen | 0001 | MTC-00024482
Trageser, James | 0002 | MTC-00009888
Trahar, B.J. | 0001 | MTC-00009963
traines@ inforefinery | 0001 | MTC-00024772
training | 0001 | MTC-00021357
Tralmer, Len | 0001 | MTC-00007227
Tram, Jared | 0001 | MTC-00014434
Trammel, Don | 0001 | MTC-00020676
Tramonte, Marc | 0001 | MTC-00024962
Tran, Quynh | 0001 | MTC-00012785
Trandum, Dan | 0001 | MTC-00031106
Transue, John | 0001 | MTC-00028375
Trantham, Richard L. | 0001 | MTC-00029201
Tranthan, Debra K. | 0001 | MTC-00029170
Trapane, Sam | 0001 | MTC-00001335
Trapp, Orlinn | 0001 | MTC-00026082
Trapp, Wanda | 0001 | MTC-00012215
Trapp, Wanda | 0001 | MTC-00009277
trasharpe@ aol.com | 0001 | MTC-00028585
Trask, Bill | 0001 | MTC-00010918
Trasport, Carol | 0001 | MTC-00031736
Traub, Joseph L. | 0001 | MTC-00018216
Traut, Earl W. | 0001 | MTC-00013219
Traux, Bruce | 0002 | MTC-00010133
Traver, John | 0001 | MTC-00016965
Travers, Christopher | 0001 | MTC-00018247
Travifzky, John | 0002 | MTC-00008773
Travis, Adrian | 0001 | MTC-00014797
Travis, Richard | 0002 | MTC-00033664
Travis, Sam | 0001 | MTC-00011340
Traynor, Scott | 0001 | MTC-00014886
Treacy, Robert | 0001 | MTC-00021173
Treacy, Tricia | 0001 | MTC-00009806
Treadgold, Gavin | 0001 | MTC-00003696
Treadway, Bill | 0001 | MTC-00023613
Treadway, Nathan | 0001 | MTC-00027844
Treadwell, Charles | 0001 | MTC-00006809
Treadwell, Russell P. | 0001 | MTC-00029582
Treder, Thomas | 0001 | MTC-00028747
Treeck, George Van | 0002 | MTC-00028733
Trees, Ray | 0001 | MTC-00010767
Tregaskis, Wade | 0002 | MTC-00003999
Treichel, Madith | 0001 | MTC-00021164
Tremblay, Mark | 0001 | MTC-00023068
Trembley, Betty | 0001 | MTC-00005179
Trend, David | 0001 | MTC-00032895
Trenka, Ron | 0003 | MTC-00018445
Trenkmann, Rick | 0001 | MTC-00005978
Trent III, Horace Arthur | 0001 | MTC-00004737
Trent Larson | 0001 | MTC-00019720
Trent, Benjamin | 0001 | MTC-00016104
Trent, Rod | 0002 | MTC-00011565
Trentham, Allen | 0001 | MTC-00000889
Trentwolf@ aol.com | 0001 | MTC-00008256
Treonis, Nathalie | 0001 | MTC-00006608
Trepanier, Paul | 0001 | MTC-00026957
Trepp, Sylvia J. | 0001 | MTC-00009110
Treppler, Marc | 0001 | MTC-00009408
Trevathan, Ben | 0002 | MTC-00011592
Treviho, Audrey | 0001 | MTC-00019449
Trevino, Alberto | 0002 | MTC-00024164
Trevino, Dan | 0001 | MTC-00014808
Trewhitt, Janet | 0001 | MTC-00026806
Trexler, Jim | 0001 | MTC-00000426
Treyes, Carlos | 0001 | MTC-00007100
Tribble, Deborah | 0001 | MTC-00021593
Tribby, Anthony | 0002 | MTC-00001879
Tribit, Bob | 0001 | MTC-00015216
Trice, Robert E., Sr. | 0001 | MTC-00009589
Tricen, Tim | 0001 | MTC-00003792
Triche, Tim | 0002 | MTC-00015499
Trieger, Andrew | 0002 | MTC-00000384
Trieger, Drew | 0001 | MTC-00019219
Trikouros, Nick | 0001 | MTC-00008293
Trill, Bud | 0001 | MTC-00022026
Trimble, Ralph | 0001 | MTC-00011777
Trimble, William | 0001 | MTC-00000382
Trimm, David | 0002 | MTC-00014254
Trimmel, John and Bey | 0001 | MTC-00029795
Trinko | 0001 | MTC-00001344
Trinko, Tom | 0002 | MTC-00018707
Tripp, Andy | 0010 | MTC-00027415
Tripp, Jason A. | 0001 | MTC-00026173
Tripp, Randy | 0001 | MTC-00013810
Tripp, Steve | 0001 | MTC-00012146
Trippe, John | 0001 | MTC-00022152
Trippe, Tina | 0001 | MTC-00021480
Tripper, Michael | 0001 | MTC-00019888
triquero@ prodigy.net.mx | 0001 | MTC-00004076
Troceen, Dan | 0001 | MTC-00008150
Troendle, E.L, | 0001 | MTC-00031475
Trofimov, SIlvill | 0001 | MTC-00020805
Troje, Charles | 0001 | MTC-00001056
Trom, Charles | 0002 | MTC-00026757
Trombettas, Victor | 0002 | MTC-00021534
Tropiano, Debbie | 0001 | MTC-00010450
Trosher, Michelle | 0001 | MTC-00027402
Trosie, John C. | 0001 | MTC-00013924
Trosie, John C. | 0001 | MTC-00001019
Trosko, Brian | 0001 | MTC-00019368
Troth, Bruce | 0001 | MTC-00032943
Troth, Laura | 0001 | MTC-00026764
Trotman, Jeff | 0001 | MTC-00031693
Trotter, Brian | 0001 | MTC-00029004
Trotter, Scott | 0001 | MTC-00019012
Trotter, Scott | 0001 | MTC-00022117
Trout, Barry | 0001 | MTC-00004289
Trowbridge, C. Pfeiffer | 0001 | MTC-00013448
Trowbridge, Lynn | 0002 | MTC-00026056
Trowbridge, Mark | 0001 | MTC-00013831
Trower, Douglas | 0002 | MTC-00031047
Troy, Austin | 0001 | MTC-00012850
Troy, John | 0001 | MTC-00013221
Troy, Les | 0001 | MTC-00008659
Troyer, Paul | 0001 | MTC-00001402
Troyer, Steve | 0001 | MTC-00021136
Trudell, Daniel | 0001 | MTC-00017624
True, Phil | 0001 | MTC-00017725
Trueblood, John | 0001 | MTC-00029193
Trueblood, John | 0001 | MTC-00009688
Truemann, William | 0001 | MTC-00027913
Truesdale, Ben | 0001 | MTC-00018792
Trujillo, Robert | 0003 | MTC-00031365
Trulssen, Nils | 0001 | MTC-00028468
Truman, Roy E. | 0001 | MTC-00006059
Trumbell, Matthew | 0001 | MTC-00022591
Truong, Charles | 0001 | MTC-00013286
Trussen, Cookie | 0002 | MTC-00028475
Tryon, Charles | 0001 | MTC-00024392
TS | 0002 | MTC-00012530
Tsang, Chase | 0001 | MTC-00020449
Tsc, Stephen | 0001 | MTC-00016035
Tschauder, Richard | 0001 | MTC-00021624
tschazleton.net | 0001 | MTC-00016033
tscott | 0001 | MTC-00023986
Tsines, George | 0001 | MTC-00022368
Tsingopoulos, Diana | 0001 | MTC-00021052
Tso, YeeJee | 0001 | MTC-00030820
Tsuda, Alan | 0001 | MTC-00025328
Tsui, Talos | 0001 | MTC-00001532
Tsui, Talos | 0001 | MTC-00001798
Tsukernik, Alex | 0001 | MTC-00010791
Tsung, Lita | 0001 | MTC-00031312
Tualla, Doray | 0002 | MTC-00028448
Tualla, Eduardo | 0002 | MTC-00028419
Tubbs, Matthew | 0001 | MTC-00027052
Tuber, Arthur | 0001 | MTC-00005623
Tuck, Hal | 0002 | MTC-00026867
Tuck, Harold | 0002 | MTC-00026877
Tuck, Nat | 0001 | MTC-00019406
Tuck, Russ | 0001 | MTC-00026653
Tuck, Timothy | 0001 | MTC-00019812
Tucker, Asa D. | 0001 | MTC-00026500
Tucker, Barry | 0001 | MTC-00009834
Tucker, Brent | 0001 | MTC-00020256
Tucker, Chad | 0002 | MTC-00021831
Tucker, Charlie | 0001 | MTC-00029751
Tucker, Christine | 0002 | MTC-00032228
Tucker, David | 0001 | MTC-00010105
Tucker, Dirk | 0001 | MTC-00010489
Tucker, Dr. | 0001 | MTC-00006516
Tucker, George | 0001 | MTC-00017350
Tucker, James | 0001 | MTC-00023755
Tucker, Jay | 0001 | MTC-00011447
Tucker, Jimmy W. | 0001 | MTC-00027213
Tucker, Kris | 0001 | MTC-00019212
Tucker, Mark | 0001 | MTC-00023383
Tucker, Phil | 0001 | MTC-00015164
Tucker, Russell | 0003 | MTC-00031245
Tucker, Ueli | 0001 | MTC-00005722
Tuckett, Paul | 0001 | MTC-00019655
Tudor, Chuck | 0001 | MTC-00014137
Tuggle, Carol | 0001 | MTC-00026749
Tuinstra, Aaron | 0001 | MTC-00016341
Tull, Robert E. | 0001 | MTC-00008777
Tullberg, Dylan R. | 0001 | MTC-00002678
Tullo, Patrick | 0001 | MTC-00013900
Tulloch, Robert F. | 0001 | MTC-00001142
Tully, Thomas | 0002 | MTC-00033651
Tulsian, Neeray | 0002 | MTC-00015664
Tuma, Keith | 0001 | MTC-00009989
Tumer, Kristen | 0001 | MTC-00007599
Tummerman, Gerjan | 0001 | MTC-00020552
Tumuluri, Suny S. | 0001 | MTC-00029626
Tune, Eric | 0001 | MTC-00019037
Tunis, George C. | 0001 | MTC-00006619
Tunney, John | 0006 | MTC-00032065
Tuomala, Marvin | 0001 | MTC-00023391
Tuomey, Steve | 0001 | MTC-00020758
TUPAI35@ aol.com | 0001 | MTC-00026222
Tupler, Marc | 0001 | MTC-00008916
Turcaso, David | 0001 | MTC-00018959
Turco, Frances | 0001 | MTC-00024590
Turcott, Jim | 0001 | MTC-00006527
Turcotte, T. | 0001 | MTC-00024230
Turenne, Bill | 0001 | MTC-00032570
Turetzky, Adam A. | 0001 | MTC-00018763
Turetzky, Ari | 0001 | MTC-00015696
Turk, Matthew J. | 0001 | MTC-00019291
Turk, Michael | 0001 | MTC-00019223
Turk, Nicholas | 0007 | MTC-00016312
Turk, Nicolas | 0001 | MTC-00003838
Turk, Richard | 0001 | MTC-00017535
Turkel, Mark | 0002 | MTC-00025188
Turki, Jim | 0001 | MTC-00008325
Turnblade, David | 0001 | MTC-00022746
Turnbow, Bo | 0001 | MTC-00003899
Turnbull, Britt | 0001 | MTC-00018210
Turnbull, D.L. | 0001 | MTC-00006578
Turner, Albert | 0001 | MTC-00007431
Turner, Albert | 0001 | MTC-00021871
Turner, Alton | 0002 | MTC-00032221
Turner, Andrew | 0001 | MTC-00025829
Turner, Benjamin J. | 0001 | MTC-00001940
Turner, Bill | 0007 | MTC-00009258
Turner, Bob and Pattie | 0001 | MTC-00005681
Turner, Christian | 0002 | MTC-00018513
Turner, Debbie | 0001 | MTC-00013729
Turner, Debbie G. | 0001 | MTC-00010083
Turner, Doug | 0001 | MTC-00015569
Turner, Frances | 0001 | MTC-00013002
Turner, Hanneli | 0001 | MTC-00024846
Turner, Hanneli | 0001 | MTC-00025582
Turner, James | 0001 | MTC-00013046
Turner, Jay | 0001 | MTC-00017574
Turner, Joanne | 0002 | MTC-00027809
Turner, John | 0001 | MTC-00019321
Turner, Karl | 0001 | MTC-00030332
Turner, Kathleen | 0001 | MTC-00026228
Turner, Kevin | 0001 | MTC-00019432
Turner, Marty | 0001 | MTC-00009901
Turner, Nancy Parkes | 0001 | MTC-00001066
Turner, Paul | 0001 | MTC-00031512
Turner, Philip | 0001 | MTC-00022457
Turner, Scott | 0001 | MTC-00001415
Turner, Scott | 0001 | MTC-00019574
Turner, Sean | 0002 | MTC-00026286
Turner, Sean | 0002 | MTC-00027448
Turner, Wayne | 0001 | MTC-00026938
Turner, William | 0002 | MTC-00016120
Turniman, Philip | 0001 | MTC-00009585
Turnipseed, Matt | 0001 | MTC-00015158
Turnley, John | 0001 | MTC-00019308
Turnover, David | 0004 | MTC-00026078
Turnquist, Margaret | 0001 | MTC-00031878
Turovich, L. Frank | 0002 | MTC-00025914
Turpin, Sten | 0001 | MTC-00018362
Turra, Mario | 0002 | MTC-00026004
Turro, Louis | 0002 | MTC-00032436
Turton, Fritz | 0001 | MTC-00005728
Turyn, Michael | 0001 | MTC-00017149
Turza, Gregory | 0001 | MTC-00019393
Tuschong, Lin | 0001 | MTC-00027694
Tustis, Steve | 0001 | MTC-00013060
Tuttle, Dino M. | 0001 | MTC-00011580
Tuttle, James W. | 0001 | MTC-00019112
Tuttle, Thomas | 0002 | MTC-00033574
Tuukka | 0001 | MTC-00004400
Tuzin, Bohdan | 0001 | MTC-00025709
Tuziw, Myroslawa | 0001 | MTC-00025719
Tvenstrup, Brian | 0001 | MTC-00014044
Twa, Darren | 0001 | MTC-00019319
Tweed, Woody | 0001 | MTC-00011766
Tweedie, Roy | 0001 | MTC-00022100
Tweedle, Roy | 0001 | MTC-00007644
TweekXX | 0001 | MTC-00023494
Twigg, Kenneth | 0001 | MTC-00029814
Twomellie@ aol.com | 0001 | MTC-00000843
TWOROME@ aol.com | 0001 | MTC-00007727
twotoads@ webtv.net | 0001 | MTC-00028590
TXBILL37@ aol.com | 0001 | MTC-00006312
Txexperiment@ co.com | 0002 | MTC-00008485
Tyler, Ann | 0001 | MTC-00001542
Tyler, Ann L. | 0001 | MTC-00001543
Tyler, David | 0001 | MTC-00002224
Tyler, Henry W. | 0001 | MTC-00025986
Tyler, Jack | 0001 | MTC-00004418
Tyler, Jay Dylan | 0001 | MTC-00032099
Tyler, Joanna | 0001 | MTC-00007983
Tyler, Kent G. | 0001 | MTC-00006481
Tyler, Mose | 0001 | MTC-00027424
Tyler, Mose | 0001 | MTC-00033534
Tyler, Norton | 0001 | MTC-00014853
tylerb@ mac.com | 0002 | MTC-00029341
Tyndale, Paula | 0001 | MTC-00025968
Tyndall, Steve | 0001 | MTC-00029667
Tyner, John | 0001 | MTC-00017040
Tynes, Wayne | 0001 | MTC-00009856
Tyree, David | 0001 | MTC-00003636
Tyrer, James Richard | 0006 | MTC-00004328
Tyrrell, Simon | 0001 | MTC-00021510
Tyson, Joann | 0001 | MTC-00031605
Tyson, Stu | 0001 | MTC-00001077
Tyutereva, Irine | 0003 | MTC-00026975
Tyzack, Jonathan | 0001 | MTC-00020484
TZ | 0001 | MTC-00018671
tzl@ mac.com | 0002 | MTC-00001638
t—odwyer@ yahoo.com | 0001 | MTC-00028064
t—odwyer@ yahoo.com | 0001 | MTC-00033582
U.S. Senate Committee on the Judiciary | 0441 | MTC-00033734
UAsco, John | 0001 | MTC-00031827
Ubaldi, Michael | 0001 | MTC-00009535
Uber, Jack | 0001 | MTC-00000682
Uckun, Tim | 0001 | MTC-00023970
Udell, Bill | 0001 | MTC-00020139
Uebe, Joanne | 0001 | MTC-00006462
Uecker, Brian | 0001 | MTC-00004777
Uguccioni, Dick | 0001 | MTC-00010226
Uhl, Bruce H. | 0001 | MTC-00009501
Uhler, Lewis K. | 0001 | MTC-00031316
Uhlich, Neal | 0001 | MTC-00027287
Ukena, Meta | 0001 | MTC-00010949
ulakken, Nikil | 0001 | MTC-00009642
Ulbricht, Edgar K. | 0001 | MTC-00021112
Ulland, Kevin | 0001 | MTC-00000115
Ulland, Kevin | 0002 | MTC-00010809
Ullenguen, Walter | 0001 | MTC-00005123
Ullman, Bubby | 0001 | MTC-00015295
Ullman, James Mitchell | 0001 | MTC-00000198
Ullman, James Mitchell | 0002 | MTC-00009883
Ulmer, Bob | 0001 | MTC-00004165
Ulmer, Bob | 0001 | MTC-00006495
Ulmer, Bob | 0001 | MTC-00022736
Ulmer, Jack | 0001 | MTC-00017041
Ulrich, Arthur | 0001 | MTC-00002320
Ulrich, Bob | 0001 | MTC-00009180
Ulrich, Donna | 0001 | MTC-00009781
Ulrich, Garnet | 0001 | MTC-00015534
Ulrich, J. Scott | 0002 | MTC-00031036
Ulrich, Tom | 0003 | MTC-00028357
ulrichw@ samlink.com | 0001 | MTC-00014510
Ulsh, Donald | 0001 | MTC-00012964
Ulskey, Joy | 0001 | MTC-00011924
Ulstad, Gary | 0001 | MTC-00010287
Ultis, Jonathan | 0001 | MTC-00018511
Uman, Howard | 0001 | MTC-00021016
Umbaugh, Bruce | 0003 | MTC-00028854
Umbright, George | 0001 | MTC-00006914
Unangst, Ron | 0001 | MTC-00022737
Unangst, Ron | 0001 | MTC-00008615
Underwood, Geff | 0001 | MTC-00018112
Underwood, Russ | 0001 | MTC-00002858
Underwood, Ryan | 0001 | MTC-00019049
Underwood, Scott | 0001 | MTC-00018963
Underwood, Theresa | 0001 | MTC-00033861
Underwood, William | 0001 | MTC-00026429
Unger, Guinn | 0001 | MTC-00027811
Unger, Janet | 0001 | MTC-00033797
Unger, Jason | 0002 | MTC-00031846
Unger, Michael A. | 0001 | MTC-00014129
Unger, Phillip E. | 0001 | MTC-00002213
Unger, Sherrie A. | 0002 | MTC-00027097
Ungle, Sam | 0001 | MTC-00007099
Union, David | 0003 | MTC-00019879
Unison, Paul | 0001 | MTC-00015210
Unkroth, Kay | 0001 | MTC-00030483
Unrein, Annette | 0001 | MTC-00011684
Unrig, Barbara L. | 0001 | MTC-00009617
Updegraff, Dave | 0001 | MTC-00030674
Upham, William | 0001 | MTC-00008957
Upper, Daniel | 0002 | MTC-00027603
Uppling, Warren | 0001 | MTC-00006749
Upstone, Velora | 0001 | MTC-00006338
Upstone, Verlora | 0002 | MTC-00028970
Upton, David | 0001 | MTC-00032929
Urb's Mail 1 | 0001 | MTC-00020102
Urbain, Aaron | 0001 | MTC-00002772
Urban, Kathryn | 0001 | MTC-00005983
Urbaniak, John J. | 0003 | MTC-00010199
Urbanik, Nick | 0001 | MTC-00010697
Ure, David | 0001 | MTC-00010067
Uriarte, Vincent | 0001 | MTC-00031594
Urich, Richard | 0003 | MTC-00027170
Urie, James | 0001 | MTC-00009878
Urness, Merton | 0001 | MTC-00007524
Urness, Merton, L. | 0001 | MTC-00013129
Urquhart, Doris | 0001 | MTC-00024044
Urquizo-Soriano, Juan | 0001 | MTC-00029421
Urry, David | 0001 | MTC-00000676
User, Debian | 0001 | MTC-00017042
User9679@ aol.com | 0001 | MTC-00008765
user@ openai.net | 0001 | MTC-00011750
UserIn6304 | 0001 | MTC-00005752
Usim, William | 0001 | MTC-00033544
Uskup, Ergin | 0001 | MTC-00005538
Utecht, Daniel | 0001 | MTC-00015208
Utlak, Bill | 0001 | MTC-00011210
Utley, Philip | 0003 | MTC-00023833
Utschig, Tim | 0002 | MTC-00020655
Utter, Kaylie | 0001 | MTC-00007316
Uwakaneme, Chukwuma | 0001 | MTC-00020489
UWISSHH@ aol.com | 0001 | MTC-00006797
Uzar, karl | 0002 | MTC-00019613
V | 0001 | MTC-00024869
v2Krause@ btv.ibm.com | 0001 | MTC-00015136
Vacalebre, Claudio | 0001 | MTC-00011202
Vacalebre, Claudio | 0001 | MTC-00005274
Vagelsong, Chad | 0001 | MTC-00019991
Vagts, Brian | 0001 | MTC-00021343
Vaiana, Joseph and Mim | 0002 | MTC-00032054
Vail, Chap | 0001 | MTC-00007537
Vail, Doris and John | 0001 | MTC-00021824
Vail, Eric S. | 0001 | MTC-00031959
Vakulskas, Barbara M. | 0001 | MTC-00031426
Valandra, Paul | 0001 | MTC-00029905
Valcarce, Marcel | 0001 | MTC-00019506
Valder, Deanna | 0001 | MTC-00021091
Valdes, Ignacio | 0001 | MTC-00000420
Valdes-Fauli, Dora | 0002 | MTC-00029737
Valdes-Fauli, Raul | 0002 | MTC-00029735
Valdes-Flores, Sergio | 0003 | MTC-00001853
Valeke, Dirk | 0001 | MTC-00028095
Valencia, Milo | 0001 | MTC-00009485
Valentine, Anthony | 0002 | MTC-00017593
Valentine, Colin | 0001 | MTC-00033808
Valentine, Joe | 0001 | MTC-00003291
valentine, Russell | 0001 | MTC-00016592
Valenzuela, Ernesto | 0001 | MTC-00002790
Valenzuela, Ernie | 0001 | MTC-00006747
Valerio, Thomas J. | 0002 | MTC-00027460
Valero, Ken | 0001 | MTC-00027961
Valiant, Catherine | 0001 | MTC-00000794
Valkaas, Andrew | 0002 | MTC-00027345
Valkanas, Andrew | 0002 | MTC-00033528
Vallance, John E. | 0001 | MTC-00008655
Vallance, Michael | 0001 | MTC-00013750
Valleroy, Jean | 0001 | MTC-00008894
valleybill@ hotmail.com | 0001 | MTC-00028079
Valsamakis, Helen | 0001 | MTC-00032019
Valusek, Rick | 0001 | MTC-00009385
Valva, Salvatore | 0002 | MTC-00029832
Vamos-Wentworth, Rossz | 0001 | MTC-00017387
Vampotic, Patricia | 0002 | MTC-00024853
Van Alstyne, Clarence | 0002 | MTC-00033176
Van Asselt, Tim | 0001 | MTC-00000626
van Assendelft, Dirk | 0001 | MTC-00020937
Van Ast, Paul | 0001 | MTC-00005142
Van Benschoten, Erik | 0001 | MTC-00017968
Van Bergen, Brian | 0001 | MTC-00032742
Van Brunt, David L. | 0001 | MTC-00001202
Van Caneghem, Ignace | 0002 | MTC-00019117
Van Cleve, Jason A. | 0001 | MTC-00003110
Van Cleve, Roger | 0001 | MTC-00022342
Van Cura, Richard | 0001 | MTC-00004606
Van Curen, Nathan S. | 0001 | MTC-00000309
Van Curen, Nathan | 0001 | MTC-00000888
Van de Ven, David | 0001 | MTC-00015029
Van De Vyver, Dirk | 0001 | MTC-00001907
Van De Water, Alice | 0001 | MTC-00011330
Van Deinse, David | 0001 | MTC-00002185
Van Den Bergh, Guy | 0001 | MTC-00015031
Van Der Burg, H.W. | 0001 | MTC-00024999
Van Der Erve, Marc | 0003 | MTC-00004185
Van Der Holst, John W. | 0001 | MTC-00012035
Van Der Kleis, Michel J.L. | 0001 | MTC-00003136
Van Der Linden, Peter | 0001 | MTC-00030632
Van der Welt, Charles F. | 0001 | MTC-00019228
Van Deursen, Hugh | 0003 | MTC-00013200
Van Deweghe, Joseph | 0001 | MTC-00013887
Van Dinter, Jim | 0001 | MTC-00001973
Van Dongen, Costyn | 0001 | MTC-00015287
Van Doren, Jonathan | 0001 | MTC-00026029
Van Fleet, Dan | 0001 | MTC-00007904
Van Fleet, Dan | 0001 | MTC-00008722
van Gent, Robert | 0001 | MTC-00022178
Van Gillune, Peter | 0002 | MTC-00030647
Van Hare, James | 0001 | MTC-00023620
van Hecke, William C. T. | 0001 | MTC-00017620
Van Heden, Andrew | 0001 | MTC-00005018
Van Hemel, Wonter | 0001 | MTC-00017111
Van Hengel, Peter | 0001 | MTC-00006958
Van Horn, Lewis | 0001 | MTC-00012318
Van Huss, Phyllis | 0001 | MTC-00010951
Van Iersel, Martin | 0001 | MTC-00004166
Van Keuren, Mildred | 0002 | MTC-00033060
Van Meter, A.P. | 0001 | MTC-00031981
Van Meter, Dale | 0001 | MTC-00029889
Van Noord, Paul | 0001 | MTC-00004528
Van Patten, John and Heidi | 0001 | MTC-00023686
Van Riper, Timothy | 0001 | MTC-00024623
Van Schie, Leon | 0001 | MTC-00008851
Van Schie, Leon | 0002 | MTC-00001787
Van Scyoc, Michael | 0002 | MTC-00002554
Van Sickle, Harold | 0001 | MTC-00000001
Van Swaay, Dirk | 0001 | MTC-00001136
Van Tuyl, George | 0001 | MTC-00004123
Van Unen, Roger | 0001 | MTC-00001070
Van Veelen, Jeremy | 0001 | MTC-00016621
Van Voris, Reid | 0001 | MTC-00002292
van Wijk, Jan | 0001 | MTC-00020942
Van Winkle, Kim | 0001 | MTC-00007569
Van Winkle, Robert | 0001 | MTC-00005693
Van Wyk, Andre | 0001 | MTC-00007476
Van Wyk, Mike | 0001 | MTC-00017067
Van, Cleve, Jason | 0001 | MTC-00023871
Van, Van | 0001 | MTC-00033498
VanAlstine, James | 0001 | MTC-00028029
VanAntwerp, Nancy | 0001 | MTC-00012999
VanAntwerp, Nancy | 0001 | MTC-00020998
VanAsselt, Tim | 0001 | MTC-00032264
VanAsten, Vaughn | 0001 | MTC-00024192
vanBalen, David | 0001 | MTC-00000084
VanBeuzekom, Edwin | 0001 | MTC-00028380
VanBlokland, Kelly | 0001 | MTC-00008534
VanBrocklin, Jim | 0001 | MTC-00016593
Vance, Larry | 0001 | MTC-00000752
Vance, LArry | 0001 | MTC-00032259
Vance, Lynn | 0001 | MTC-00022903
Vance, Richard | 0002 | MTC-00001082
Vance, Tim | 0001 | MTC-00030765
VanDahm, Stephen C. | 0001 | MTC-00015413
VanDamme, Steve | 0001 | MTC-00023925
Vande Bogart, Florence A. | 0001 | MTC-00014147
Vandekieft, Ellen | 0001 | MTC-00026339
Vandellos, Michael | 0001 | MTC-00025580
Vandenberg, Steven | 0001 | MTC-00014176
Vandenboom, Ronald | 0001 | MTC-00010096
Vandenbury, Gary L. | 0001 | MTC-00024956
Vandepol, Scott | 0001 | MTC-00014716
Vander Hart, Robert | 0001 | MTC-00021904
Vander Sande, MIchael | 0001 | MTC-00004404
Vander Werff, Eric | 0001 | MTC-00022494
Vanderburg, Harry | 0001 | MTC-00017268
Vandergrift, Steve | 0001 | MTC-00029493
Vanderheide, Ryan | 0001 | MTC-00026273
VanderMeulen, Ryan | 0001 | MTC-00024515
Vandern Bout, Geoff | 0001 | MTC-00024165
Vanderpool, Ruth | 0001 | MTC-00026138
VanderPyle, Nicholas | 0001 | MTC-00006055
VanderPyle, Nicholas | 0001 | MTC-00027881
Vandervander, Joe | 0001 | MTC-00015394
Vanderwalker, Earl | 0001 | MTC-00007006
Vanderwalker, John | 0001 | MTC-00013250
Vanderwalker, Sheryl | 0001 | MTC-00012330
Vanderzanden, Ryan | 0002 | MTC-00003662
VanDeusen, Paul | 0001 | MTC-00003139
vandewater@ infowest.com | 0001 | MTC-00010443
VanDyke, Merle | 0001 | MTC-00009938
VanDyke, Stuart | 0002 | MTC-00032197
VanDyke, Stuart H. | 0001 | MTC-00026992
VanEynde, Noel | 0001 | MTC-00025727
Vang, Fong | 0001 | MTC-00018918
VanHouten, James F. | 0001 | MTC-00021670
VanMeter, Lauren | 0001 | MTC-00029887
VanMeteren, Kristian | 0002 | MTC-00030821
Vann, John | 0001 | MTC-00017130
VanNess, Evan | 0001 | MTC-00009935
VanNess, Rosaline | 0001 | MTC-00011734
Vanover, Steve | 0001 | MTC-00023340
VanOverstracten, Frank | 0001 | MTC-00030801
VanSickle, Harold | 0001 | MTC-00001683
VanSpanje, Erich | 0001 | MTC-00023314
vantuyl—jamie—nonlilly@ lilly.com | 0001 | MTC-00024384
VanZandt, James R. | 0002 | MTC-00025596
VanZanten, John A. | 0001 | MTC-00015851
VanZwol, Ted | 0001 | MTC-00011988
Varallo, J.T. | 0001 | MTC-00031939
Varano, Charles | 0001 | MTC-00025960
Varano, Charles | 0001 | MTC-00010795
Varborough, Joe | 0002 | MTC-00014401
Vardy, Beverly | 0001 | MTC-00028474
Varela, John | 0001 | MTC-00019625
Varga, Paul | 0001 | MTC-00015150
Varga, Paul | 0001 | MTC-00015157
Vargas, Chris | 0001 | MTC-00016175
Vargas, Dustin | 0001 | MTC-00000312
Varghese@ emirates.net | 0001 | MTC-00003069
Vargo, Kevin | 0001 | MTC-00015122
Varhau, Keith and Arlene | 0001 | MTC-00027549
Varin, Stephen | 0001 | MTC-00001442
Varlten, Peter | 0001 | MTC-00023091
Varner, Darren | 0001 | MTC-00004950
Varner, Darron | 0001 | MTC-00001624
Varner, Jody | 0001 | MTC-00011568
Varner, John L. | 0002 | MTC-00010519
Varsel, Mark | 0001 | MTC-00025134
Vasconcellos, Bruce | 0001 | MTC-00027576
Vasily | 0001 | MTC-00023928
Vasko, Steve | 0001 | MTC-00003487
Vasquez, Hector | 0001 | MTC-00018321
Vassar, Esther | 0001 | MTC-00031258
Vastlik, Donald | 0001 | MTC-00021678
Vasuani, Girish | 0001 | MTC-00014735
Vath, Perry | 0001 | MTC-00014227
Vath, Raymond | 0001 | MTC-00008802
Vaughan, Chris | 0001 | MTC-00002636
Vaughan, Dan | 0001 | MTC-00021094
Vaughan, Dan | 0001 | MTC-00004297
Vaughan, Dan | 0001 | MTC-00005854
Vaughan, Jim | 0001 | MTC-00010769
Vaughan, Rose Mary | 0001 | MTC-00012354
Vaughan, Sean | 0002 | MTC-00017802
Vaughn, Latricia | 0001 | MTC-00021870
Vaughn, Mary | 0002 | MTC-00033183
Vaught, Thomas | 0001 | MTC-00027822
Vavra, Robert | 0001 | MTC-00027173
Vawter, Antoinette W. | 0001 | MTC-00008214
Vawter, Noah | 0001 | MTC-00021492
Vazquez, Ives Frank | 0001 | MTC-00003334
Vazquez, Orpheus | 0001 | MTC-00028846
vdrlholl@ westnetay01. boulder.bm.com | 0001 | MTC-00028216
Vedder, David | 0001 | MTC-00000557
Veditz, Dan | 0001 | MTC-00027431
veefydave@ hotmail.com | 0001 | MTC-00010872
Veenker, Gerald | 0001 | MTC-00006207
Veenstra, Robert | 0001 | MTC-00020568
Vega, Ben | 0001 | MTC-00005109
Vega, Ben | 0001 | MTC-00005113
Vega, Ben | 0001 | MTC-00012072
VeifnUS, nsew | 0001 | MTC-00017196
Veit, Albert | 0001 | MTC-00031138
Vela, M.A. | 0002 | MTC-00030832
Velarde, Lynnie D. | 0002 | MTC-00028908
Velazquez, Mark and Ochun, Soila | 0002 | MTC-00002190
Velez, Karla | 0001 | MTC-00031963
Velie, Jeanne | 0001 | MTC-00007371
Velleux, Keith | 0003 | MTC-00025818
Velso, Vivek | 0003 | MTC-00009419
Velso, Vivek | 0001 | MTC-00027340
Vemuri, K. Rao | 0001 | MTC-00004295
Venable, Bruce | 0001 | MTC-00024501
Venable, Peggy | 0001 | MTC-00032565
Venable, Peggy | 0001 | MTC-00032731
Venable, Peter | 0001 | MTC-00016433
Venables, Fred | 0001 | MTC-00002557
Venale, Clark | 0001 | MTC-00023526
Venditti, Andrew | 0001 | MTC-00030813
Venditti, Daniel W. | 0001 | MTC-00030806
vendor@ techcollective.com | 0001 | MTC-00028229
Veneskey, Gwen L. | 0001 | MTC-00018003
Venet, Eric B. | 0003 | MTC-00026871
Venezia, Anthony | 0001 | MTC-00023508
Venezia, Joseph | 0001 | MTC-00003002
Venezia, Paul | 0001 | MTC-00004850
Vengrow, M ichael | 0001 | MTC-00029434
Venkatesalu, Rajagopal | 0001 | MTC-00011382
Venner, Charlotte | 0001 | MTC-00008878
Vennik, David | 0002 | MTC-00002970
Vensel, Mary | 0001 | MTC-00025867
Venske, Mike | 0001 | MTC-00019882
Venter, Liebrecht | 0001 | MTC-00002879
Ventura, Albert | 0001 | MTC-00007953
Ventura, Scott | 0003 | MTC-00027817
Venzon-Landus, Edgor Patrick | 0004 | MTC-00026572
Verane, Frank | 0001 | MTC-00020879
Verbarg, Daniel | 0001 | MTC-00000089
Verbeek, Todd | 0001 | MTC-00003475
Verberg, Daniel | 0001 | MTC-00032243
Verbick, Jim | 0002 | MTC-00032063
Verbon, Russ and Jacque | 0001 | MTC-00001881
Verbrugge, Gerard | 0001 | MTC-00011191
Verde, Kevin | 0001 | MTC-00015100
Verdier, Brice | 0001 | MTC-00016413
Verdon, Sharyn | 0001 | MTC-00005099
Verdy, Phillppe | 0002 | MTC-00025802
Vereb Rich | 0001 | MTC-00001238
Vered, Erik | 0001 | MTC-00018172
verell@ rahab.net | 0001 | MTC-00017267
verell@ rahab.net | 0001 | MTC-00017266
verell@ rahab.net | 0001 | MTC-00024762
Veres, Leslie | 0001 | MTC-00007699
Verger, John | 0001 | MTC-00005262
Verguldi, Anthony | 0002 | MTC-00012560
Verhoeven, Alex | 0001 | MTC-00022175
VerHoeven, Grace | 0001 | MTC-00006126
Verhulst, Catherine | 0002 | MTC-00031413
Veritas123@ aol.com | 0001 | MTC-00028056
Verkler, George | 0001 | MTC-00002249
Vernon, Wes | 0001 | MTC-00028722
Vernor, Karen | 0001 | MTC-00012986
VerPlanck, Billy | 0001 | MTC-00011434
Verran, Matt | 0001 | MTC-00009207
Verstraete, Stephen | 0001 | MTC-00018151
Vert, Alex | 0001 | MTC-00010021
Vert, Alex | 0001 | MTC-00012319
Vertefeville, Dane | 0001 | MTC-00009720
Verthein, William | 0001 | MTC-00024328
Vertz, David | 0001 | MTC-00032958
Verwolf, Adrian | 0003 | MTC-00002004
Verywymerer | 0001 | MTC-00019225
Vesbek, Bob | 0001 | MTC-00026885
Vespa, A.A. | 0001 | MTC-00006371
Vesperman, Jenn | 0002 | MTC-00019693
Vess, Gavin | 0001 | MTC-00004156
Vessels, Terry | 0002 | MTC-00025701
Vessenes, Peter | 0002 | MTC-00017383
Vest, Shannon | 0001 | MTC-00025161
Vetere, Dan | 0001 | MTC-00014422
Vetica, Dennis | 0001 | MTC-00007005
Vetter, Scott | 0003 | MTC-00005045
Vettraino, Jude | 0001 | MTC-00032412
Vezzani, Federico | 0001 | MTC-00010944
Vg, Lorenzo | 0002 | MTC-00004012
Vgerdjk@ optonline.net | 0001 | MTC-00002862
VHSchiller@ aol.com | 0001 | MTC-00006106
Viano, John E. | 0001 | MTC-00026021
Vibrandt, Carl | 0001 | MTC-00023713
Vicinanza, Gregg | 0001 | MTC-00028744
Vick, Nathan | 0001 | MTC-00008704
Vick@ adnc.com | 0001 | MTC-00026279
Vickers, Al | 0001 | MTC-00023692
Vickers, Robert | 0001 | MTC-00013675
Vickers, Tim | 0001 | MTC-00025839
Victor, Jayne | 0001 | MTC-00031891
Victor, John | 0001 | MTC-00021928
Victor, John | 0001 | MTC-00005530
Vida, Aros | 0001 | MTC-00027927
Vidal, Gerald | 0001 | MTC-00025405
Vidikan, Lisa | 0001 | MTC-00022188
Viega, John | 0001 | MTC-00022106
Vieites, Pete | 0001 | MTC-00025128
Viens, Marie | 0001 | MTC-00020393
Vier, Alan | 0001 | MTC-00010593
Viesse, Angela | 0001 | MTC-00006037
Vietz, Virginia | 0001 | MTC-00008910
Vigliotti, Anthony J. | 0001 | MTC-00031958
Viken | 0001 | MTC-00005638
Vikram, S. | 0001 | MTC-00015621
Vil6 | 0001 | MTC-00001146
Vilas, Michael | 0001 | MTC-00028746
Vilensky, Eugene | 0002 | MTC-00010684
Vilhuber, Jan | 0001 | MTC-00020331
Villalpando, Regina | 0001 | MTC-00004346
Villaneuva, Mario | 0001 | MTC-00011869
Villanova, Robert | 0001 | MTC-00022585
Villanova, Ronald | 0001 | MTC-00023210
Villar, Ricardo | 0001 | MTC-00007840
Villar, Ricardo | 0001 | MTC-00020920
Villarieal, Ramro | 0001 | MTC-00031221
Villavicenejo, Pedro | 0002 | MTC-00004261
Vilot, Tom | 0001 | MTC-00002654
vince1@ bignet.net | 0001 | MTC-00013826
Vincent, Bret | 0001 | MTC-00020511
Vincent, Brian | 0001 | MTC-00018679
Vincent, Carol | 0001 | MTC-00030599
Vincent, David | 0002 | MTC-00020688
Vincent, Francois | 0001 | MTC-00009698
Vincent, Janet K. | 0001 | MTC-00006099
Vincent, Robert | 0001 | MTC-00017769
Vincenti, Raphael | 0001 | MTC-00002836
Vinci, Bob | 0001 | MTC-00026040
Vinella, Gerald | 0001 | MTC-00032560
Vinella, Gerald E. | 0001 | MTC-00010111
Vinkhuyzen, Onno | 0001 | MTC-00002564
Vinson, Clay | 0001 | MTC-00025216
Vinson, Clay | 0001 | MTC-00005184
Vinson, Danny | 0001 | MTC-00028874
Vinton, Andrew | 0001 | MTC-00023715
viq-guilter@ hotmail.com | 0001 | MTC-00017253
Viramontes, Wendy | 0001 | MTC-00010483
Virijevich, Paul | 0002 | MTC-00013471
Virkler, Joshua | 0001 | MTC-00030989
Virkler, Mark | 0001 | MTC-00009976
Viscorte, Marc | 0001 | MTC-00020048
Viscott, Jon | 0001 | MTC-00010848
Vislocky, Joe | 0001 | MTC-00010305
Visniewski, Patrick | 0001 | MTC-00018550
Vitale, Nicola | 0001 | MTC-00003047
Vitalo, Michael | 0001 | MTC-00015531
Vitello, Frank | 0003 | MTC-00010900
Vittone, John | 0001 | MTC-00006212
VJCapece4@ cs.com | 0001 | MTC-00007937
Vlahos, Bill | 0001 | MTC-00033350
Vlahos, Bill | 0001 | MTC-00023837
vlamb@ aduanta-tech.com | 0001 | MTC-00021426
vlevy022728 | 0001 | MTC-00021391
VM | 0001 | MTC-00001340
VM | 0002 | MTC-00001342
VM | 0002 | MTC-00001348
Vogel, Alan | 0001 | MTC-00006383
Vogel, Alan | 0002 | MTC-00022732
Vogel, Bill and Jean | 0001 | MTC-00021457
Vogel, Carl M. | 0001 | MTC-00031354
Vogel, Karl | 0002 | MTC-00004591
Vogel, Larry | 0001 | MTC-00001495
Vogel, Les | 0002 | MTC-00002274
Vogel, Liz | 0001 | MTC-00017296
Vogel, Morton | 0001 | MTC-00007232
Vogel, Morton M. | 0001 | MTC-00028787
Vogle, Nicole | 0001 | MTC-00024109
Vogrin, George | 0002 | MTC-00033079
Vogt, Robert A. | 0001 | MTC-00012046
Vogt, Tim | 0001 | MTC-00017543
Vogtmann, Lyle D. | 0001 | MTC-00023717
Voinea, Adrian | 0001 | MTC-00022169
Voisine, Aaron | 0001 | MTC-00019420
Voland, Rick | 0004 | MTC-00029676
Volker, Jim | 0001 | MTC-00018880
Voll, Jim | 0001 | MTC-00018478
Vollmer, David | 0001 | MTC-00016396
Vollmer, Jay | 0002 | MTC-00003673
Volmer, Jonathan | 0001 | MTC-00015230
Volner, Allison | 0002 | MTC-00032270
Volner, Billy | 0001 | MTC-00009305
Volner, Jesse | 0001 | MTC-00001722
Volynets, Anatoly | 0002 | MTC-00009705
Volynets, Ilya | 0001 | MTC-00022825
Von Blanckensee, Peter | 0001 | MTC-00005917
Von Brethorst, Loris | 0001 | MTC-00023650
Von Colln, Gary | 0002 | MTC-00019046
Von Dongen, Dirk | 0002 | MTC-00024881
Von Hardenberg, Paul W. | 0001 | MTC-00006822
Von Hoffman, Jennifer | 0001 | MTC-00017106
Von Hohenleiten, Nancy T. | 0001 | MTC-00008469
Von Stein, Fred | 0001 | MTC-00020185
Von Wald, Cris | 0001 | MTC-00008678
Von WPrttemberg, Adolf | 0001 | MTC-00004498
von Wurmb, George | 0001 | MTC-00010157
VonBurg, Fred | 0001 | MTC-00026769
Vonderscheer, Louis | 0001 | MTC-00004594
VonReis, Will | 0001 | MTC-00026714
Vonschischkoff, Sergius | 0001 | MTC-00022370
Voorheis, Tom | 0001 | MTC-00026734
Voorhess, JAmes | 0001 | MTC-00024974
Vorck, Frederick | 0001 | MTC-00017411
Vore, Ty | 0001 | MTC-00008907
Vorias, Anthony | 0001 | MTC-00007925
Vose, Marc Anthony | 0002 | MTC-00004397
Voss, Ron | 0001 | MTC-00017673
Voss, Terry | 0001 | MTC-00005410
Vost, Gary | 0002 | MTC-00014071
Vota, Jonathan | 0001 | MTC-00015654
Vota, Paul | 0001 | MTC-00021467
Votypka, Edward | 0002 | MTC-00028407
Voudouris, Christopher | 0001 | MTC-00002354
Vrandall | 0001 | MTC-00025199
Vrede, Keith | 0001 | MTC-00029082
Vreeland, Johnathan | 0001 | MTC-00027958
Vreeland, Thomas | 0001 | MTC-00026295
Vresilavic, John | 0001 | MTC-00013544
Vrzalik, Joseph | 0002 | MTC-00033091
Vyas, Samir | 0002 | MTC-00032879
Vygr13@ aol.com | 0011 | MTC-00013935
Vysotskiy | 0002 | MTC-00020306
Vysotskiy, Anton | 0002 | MTC-00022372
vze276e@ verizon.net | 0001 | MTC-00007863
W, Jeff | 0001 | MTC-00011516
W, Nathaniel | 0001 | MTC-00003787
W. D. | 0001 | MTC-00026167
Wachs, James S. | 0001 | MTC-00006255
Wachsman, David S. | 0001 | MTC-00006849
Wack, David | 0001 | MTC-00020910
Wacker, C.L. | 0001 | MTC-00014441
Wacker, Wynn | 0002 | MTC-00026786
Waddell, Jearl R. | 0001 | MTC-00008201
Waddell, Ken | 0002 | MTC-00031214
Waddell, William Joseph | 0002 | MTC-00003939
Waddington, R. | 0001 | MTC-00026990
Wade, Daren | 0002 | MTC-00033278
Wade, Karsten | 0001 | MTC-00026557
Wade, Lawrence | 0002 | MTC-00020221
Wade, Mitch | 0001 | MTC-00028811
Wade, Rachel | 0001 | MTC-00012315
Wade, Thomas A. | 0001 | MTC-00006733
Wade, Tracey | 0001 | MTC-00003902
Wadeff, Donald | 0001 | MTC-00013850
Wadell, James S. | 0001 | MTC-00019292
Wadhwani, Ash | 0001 | MTC-00002029
Wadlow, Randy L. | 0001 | MTC-00009973
Wadsworth, Eric | 0001 | MTC-00027700
Wadsworth, Jeremy | 0002 | MTC-00003626
Wadsworth, Karen | 0002 | MTC-00031729
Waechter, gail | 0001 | MTC-00011871
Waed, Melvin | 0002 | MTC-00032475
Waentz, Jennifer | 0001 | MTC-00022369
Wagenseil, John | 0001 | MTC-00006441
Wagenseil, John | 0001 | MTC-00022600
Wages, Joseph | 0001 | MTC-00007935
Wagganer, Robin | 0001 | MTC-00002270
Waggener, Paul | 0001 | MTC-00021853
Waggoner, Bob | 0001 | MTC-00006435
Waggoner, Dave | 0001 | MTC-00000716
Waggoner, Theresa | 0001 | MTC-00006659
Wagman, Mike | 0001 | MTC-00001403
Wagner, Barbara and Ronald | 0001 | MTC-00008929
Wagner, Ben | 0001 | MTC-00013689
Wagner, Bill | 0003 | MTC-00010586
Wagner, Brenda | 0001 | MTC-00007816
Wagner, Charles | 0001 | MTC-00006182
Wagner, Delpha | 0001 | MTC-00008867
Wagner, Dorothy | 0001 | MTC-00009540
Wagner, Gary | 0001 | MTC-00012670
Wagner, George | 0001 | MTC-00010245
Wagner, George | 0001 | MTC-00019832
Wagner, George | 0001 | MTC-00004452
Wagner, George | 0001 | MTC-00001729
Wagner, John | 0001 | MTC-00005525
Wagner, John | 0001 | MTC-00010062
Wagner, Joyce | 0001 | MTC-00007939
Wagner, Mark | 0003 | MTC-00016938
Wagner, Mark | 0001 | MTC-00025229
Wagner, Ralph | 0002 | MTC-00017715
Wagner, Richard | 0001 | MTC-00023343
Wagner, Robert | 0001 | MTC-00024393
Wagner, Sean | 0001 | MTC-00001844
Wagner, Steve | 0002 | MTC-00033603
Wagoner, Mark | 0001 | MTC-00030472
Wagoner, William G. | 0001 | MTC-00022581
Wagstaff, Lee | 0002 | MTC-00010701
Wagstaff, Lee | 0002 | MTC-00014376
Wahl, Allene | 0001 | MTC-00026645
Wahl, Bill | 0001 | MTC-00002940
Wahl, Daniel | 0001 | MTC-00007819
Wahlin, Matthew W. | 0002 | MTC-00020019
Wahlstron, Ann | 0001 | MTC-00021226
Wahrer, Carol | 0001 | MTC-00018778
Waid, Herbert | 0001 | MTC-00012988
Wain, Donald B. | 0001 | MTC-00030175
Wainwright, Arthur D | 0001 | MTC-00030752
Wainwright, Will | 0001 | MTC-00015402
Waislorot, Nate | 0001 | MTC-00015607
Waite, Larry | 0001 | MTC-00021839
Waite, Maureen | 0001 | MTC-00021603
Waites, Patrick | 0001 | MTC-00018591
Waits, Stephen | 0001 | MTC-00018234
Wak, Fig | 0001 | MTC-00026870
Wake, Harold E. | 0001 | MTC-00006725
Wakeland, Beverly | 0001 | MTC-00006268
Wakeland, Beverly | 0001 | MTC-00011818
Waker, Ray and Patricia | 0001 | MTC-00014742
Waldauer, Alex | 0003 | MTC-00020196
waldcwil@ bellsouth.net | 0001 | MTC-00028179
Walden, James W. | 0001 | MTC-00004338
Waldenberger, Dean | 0001 | MTC-00028947
Walder, John | 0001 | MTC-00032312
Waldman, Craig | 0001 | MTC-00028554
Waldman, Marian | 0002 | MTC-00003346
Waldman, Mark | 0002 | MTC-00002141
Waldman, Steve | 0008 | MTC-00025808
Waldman, Steven | 0008 | MTC-00030453
Waldo, Carolyn | 0001 | MTC-00006700
Waldo, Jim | 0001 | MTC-00029959
Waldrop, Myrong | 0001 | MTC-00022704
waldthingfever@ aol.com | 0001 | MTC-00001512
Walend, David | 0001 | MTC-00002948
Walenga, Carol | 0001 | MTC-00020694
Walertia, John | 0001 | MTC-00005566
Wales, Barbara M. | 0002 | MTC-00004298
Wales, Robert | 0001 | MTC-00003549
walharpiii@ aol.com | 0001 | MTC-00024238
Waligunda, Robert | 0001 | MTC-00023473
Waling, Richard | 0001 | MTC-00030152
Walion, Robert | 0001 | MTC-00027155
Walion, Robert | 0001 | MTC-00002601
Walken, Ron | 0001 | MTC-00011762
Walken, Ronald, D. | 0001 | MTC-00031989
Walker, Adam | 0001 | MTC-00000289
Walker, Adam | 0001 | MTC-00003206
Walker, Bob | 0002 | MTC-00032541
Walker, Brian | 0001 | MTC-00014450
Walker, Bryan | 0001 | MTC-00016051
Walker, C.L. | 0001 | MTC-00031654
Walker, Catherine Hamlin | 0001 | MTC-00029249
Walker, Charles | 0001 | MTC-00005482
Walker, Christian | 0001 | MTC-00018326
Walker, Cornelius | 0001 | MTC-00004331
Walker, Cyrus | 0001 | MTC-00026110
Walker, Daniel | 0001 | MTC-00022521
Walker, Daniel | 0002 | MTC-00014910
Walker, Dave and Lee, Andrew | 0001 | MTC-00002204
Walker, David | 0001 | MTC-00001094
Walker, David | 0002 | MTC-00018160
Walker, David | 0002 | MTC-00018019
Walker, DAvid | 0001 | MTC-00025152
Walker, Doug | 0001 | MTC-00004659
Walker, Doug | 0001 | MTC-00002115
Walker, Edward J. | 0001 | MTC-00021440
Walker, Emile A. | 0001 | MTC-00001842
Walker, Greg | 0001 | MTC-00002432
Walker, Greg | 0002 | MTC-00004962
Walker, Guy | 0001 | MTC-00000484
Walker, Jason | 0002 | MTC-00028340
Walker, Jeremy | 0001 | MTC-00015872
Walker, Jerry | 0002 | MTC-00017107
Walker, Jesse | 0001 | MTC-00014268
Walker, John | 0001 | MTC-00004497
Walker, John | 0001 | MTC-00030690
Walker, John and Geraldine | 0001 | MTC-00029768
Walker, John and Sandee | 0001 | MTC-00024693
Walker, Joseph | 0001 | MTC-00030892
Walker, Kathryn | 0001 | MTC-00020981
Walker, Kellene | 0001 | MTC-00029963
Walker, Kevin | 0001 | MTC-00001425
Walker, Kirk | 0001 | MTC-00022428
Walker, Lisa | 0001 | MTC-00032781
Walker, Lois Cowan | 0001 | MTC-00013606
Walker, Lynn | 0002 | MTC-00028741
Walker, Mark | 0001 | MTC-00013257
Walker, Martha Jane | 0001 | MTC-00008047
Walker, Michael | 0001 | MTC-00032675
Walker, Michael | 0001 | MTC-00019768
Walker, Myrtice | 0001 | MTC-00012323
Walker, Pat | 0002 | MTC-00003536
Walker, Paul | 0002 | MTC-00033075
Walker, Peg and Phil | 0001 | MTC-00010857
Walker, Richard | 0001 | MTC-00032579
Walker, Rob | 0001 | MTC-00030118
Walker, Sandra | 0002 | MTC-00025065
Walker, Sandy | 0001 | MTC-00025132
Walker, Scott | 0001 | MTC-00022894
Walker, Stephanie | 0001 | MTC-00023122
Walker, Stewart | 0001 | MTC-00021684
Walker, Will | 0001 | MTC-00015188
Walkup, Thane | 0001 | MTC-00017580
Wall, Betty W. | 0001 | MTC-00006420
Wall, Craig | 0001 | MTC-00001963
Wall, Craig | 0001 | MTC-00013702
Wall, Dick | 0002 | MTC-00000714
Wall, J. | 0001 | MTC-00001370
Wall, James | 0001 | MTC-00023768
Wall, James | 0001 | MTC-00004815
Wall, Timothy | 0002 | MTC-00015843
Wallace, Alex | 0001 | MTC-00027222
Wallace, Alexander | 0001 | MTC-00024968
Wallace, Bill | 0001 | MTC-00008144
Wallace, David | 0001 | MTC-00026540
Wallace, Donna | 0001 | MTC-00012459
Wallace, Edith | 0002 | MTC-00017779
Wallace, Jenny | 0001 | MTC-00030001
Wallace, Jerry | 0001 | MTC-00029727
Wallace, John | 0001 | MTC-00002277
Wallace, Laura | 0001 | MTC-00033215
Wallace, Lee | 0001 | MTC-00005994
Wallace, Robert | 0001 | MTC-00005912
Wallace, Steven | 0001 | MTC-00019089
Wallace, Tim | 0001 | MTC-00015617
Wallace, Virgina | 0001 | MTC-00006695
Wallace, Virginia | 0001 | MTC-00006678
Wallace, William | 0001 | MTC-00015551
Wallace, William | 0001 | MTC-00028745
Wallach, Darlene | 0001 | MTC-00025500
Wallen, Drew | 0001 | MTC-00000067
Wallen, Jack | 0001 | MTC-00015227
Wallent, Ernest M. | 0001 | MTC-00006784
Waller, Kevin | 0001 | MTC-00023893
Waller, Noah L. | 0001 | MTC-00019840
Wallgren@ flash.net | 0001 | MTC-00028185
Wallin, Eric | 0001 | MTC-00017127
Walling, Donald | 0001 | MTC-00032785
Wallingford, Ted | 0003 | MTC-00014294
Wallis, Gary | 0001 | MTC-00003831
Wallis, J. H. | 0001 | MTC-00008703
Wallis, Richard | 0001 | MTC-00023936
Wallman, Michael | 0001 | MTC-00000993
Walls, Jeffrey | 0003 | MTC-00018535
Walls, Louise | 0001 | MTC-00010498
Walls, Monty | 0001 | MTC-00019164
Walser, David | 0002 | MTC-00027262
Walser, David | 0001 | MTC-00019858
Walser, Robert A. | 0001 | MTC-00012385
Walseth, Jonathan | 0001 | MTC-00001725
Walsh, Brian | 0001 | MTC-00014000
Walsh, Clifford J. | 0001 | MTC-00031581
Walsh, Daniel | 0001 | MTC-00031300
Walsh, David | 0002 | MTC-00010708
Walsh, Edward | 0002 | MTC-00032912
Walsh, Joan | 0002 | MTC-00032498
Walsh, John K. | 0001 | MTC-00017493
Walsh, Kevin | 0001 | MTC-00030641
Walsh, Mark | 0002 | MTC-00004027
Walsh, Mark | 0001 | MTC-00021292
Walsh, Mark | 0002 | MTC-00012786
Walsh, Niall | 0001 | MTC-00015652
Walsh, Steve | 0001 | MTC-00017124
Walstad, Leonard | 0001 | MTC-00026768
Walt | 0001 | MTC-00016812
Walt | 0002 | MTC-00029257
Walt, Donnie | 0001 | MTC-00012849
Walter, Bock | 0001 | MTC-00005035
Walter, Diane | 0001 | MTC-00029813
Walter, Diane | 0001 | MTC-00025766
Walter, George | 0002 | MTC-00024965
Walter, Helga | 0002 | MTC-00023606
Walter, Lee | 0001 | MTC-00028768
Walter, Mary Ann | 0001 | MTC-00011504
Walter, Michael A. | 0001 | MTC-00012061
Walter, Nick | 0001 | MTC-00015497
Walter, Scott | 0001 | MTC-00019004
Walter, Udo | 0001 | MTC-00023568
Walters, Allan | 0001 | MTC-00022031
Walters, Bob | 0001 | MTC-00011562
Walters, Chad | 0001 | MTC-00023099
Walters, Elizabeth | 0001 | MTC-00031526
Walters, Ian | 0003 | MTC-00013383
Walters, Jane | 0001 | MTC-00021475
Walters, Ken | 0001 | MTC-00007815
Walters, Pat | 0002 | MTC-00003104
Walters, Pat | 0002 | MTC-00022339
Walters, Scott | 0002 | MTC-00004732
Walters, Wesley | 0001 | MTC-00000222
Walth, Christin | 0002 | MTC-00032292
Walther, Frederick and Coleen | 0001 | MTC-00030480
Walther, Jonathan | 0001 | MTC-00014876
Waltman, Kim | 0002 | MTC-00029802
Walton, Dave | 0001 | MTC-00028367
Walton, James | 0003 | MTC-00019524
Walton, Jeremy | 0001 | MTC-00026560
Walton, Jim | 0002 | MTC-00014637
Walton, Kimberly | 0001 | MTC-00031551
Walton, Krista | 0001 | MTC-00013717
Walton, Lynn | 0001 | MTC-00011922
Walton, Randy | 0001 | MTC-00016191
Waltrip, Charles | 0002 | MTC-00004959
Waltz, Robert B. | 0001 | MTC-00001811
Walz, Joe W. | 0001 | MTC-00004109
Walz, Joe W. | 0001 | MTC-00004147
Wamble, Robert | 0001 | MTC-00016677
Wampler, Troy | 0001 | MTC-00002451
Wanderer, Donald and Elizabeth | 0002 | MTC-00010210
Wandling, Jeff | 0001 | MTC-00018532
Wane, Louise F. | 0001 | MTC-00030413
Wanek, Tom | 0001 | MTC-00015267
Wang, Bill | 0001 | MTC-00004306
Wang, Bill | 0001 | MTC-00006707
Wang, Brian | 0001 | MTC-00003358
Wang, Daniel | 0001 | MTC-00017510
Wang, James | 0001 | MTC-00030275
Wang, John Yuh-Chung | 0001 | MTC-00007133
Wang, Joseph | 0001 | MTC-00008947
Wang, Michael | 0002 | MTC-00003256
Wang, Michael | 0001 | MTC-00002632
Wang, S. | 0001 | MTC-00000192
Wang, Sam | 0002 | MTC-00031116
Wang, William | 0001 | MTC-00001410
Wang, William | 0001 | MTC-00001414
Wang, Yuhong | 0001 | MTC-00004292
Wangh, Rebecca | 0001 | MTC-00030969
Wanono, Eric | 0001 | MTC-00011662
Waranch | 0001 | MTC-00005858
Warbington, Adam | 0001 | MTC-00000130
Warburton, Dan | 0001 | MTC-00027715
Ward Sr., Don M. | 0001 | MTC-00033625
Ward, Alan | 0001 | MTC-00021934
Ward, Barbara | 0001 | MTC-00022007
Ward, Barbara | 0001 | MTC-00029321
Ward, Brian | 0001 | MTC-00008771
Ward, Christopher | 0001 | MTC-00014078
Ward, Clifford | 0001 | MTC-00031201
Ward, Frances | 0002 | MTC-00026857
Ward, Gary | 0001 | MTC-00023456
Ward, J.J. | 0001 | MTC-00019055
Ward, Jim | 0001 | MTC-00000789
Ward, Joy | 0001 | MTC-00006607
Ward, Ken | 0001 | MTC-00013996
Ward, Kevin | 0001 | MTC-00011775
Ward, Lester | 0002 | MTC-00029330
Ward, Mark | 0001 | MTC-00015577
Ward, Mike | 0001 | MTC-00008632
Ward, Nancy | 0002 | MTC-00029001
Ward, Nathaniel | 0001 | MTC-00025430
Ward, Patrick A. | 0001 | MTC-00014039
Ward, Randy | 0001 | MTC-00016864
Ward, Rebecca | 0001 | MTC-00019938
Ward, Rebecca | 0001 | MTC-00029360
Ward, Richard | 0001 | MTC-00022350
Ward, Thomas | 0001 | MTC-00023685
Ward, Tom | 0001 | MTC-00002259
Ward, Tommy | 0002 | MTC-00028482
Ward, William R. | 0001 | MTC-00022406
Warden, Billy | 0001 | MTC-00031926
Wardman, Chris | 0001 | MTC-00001308
Wardroper, Alan | 0001 | MTC-00002391
wardski1@ msn.com | 0001 | MTC-00014494
Ware, Brent | 0001 | MTC-00024600
Ware, Brett | 0001 | MTC-00024603
Ware, Jack | 0003 | MTC-00005403
Ware, Ryan | 0001 | MTC-00010782
Warfield, Richard | 0001 | MTC-00014734
Warhol, Jim | 0001 | MTC-00028857
Warkentin, Mark | 0001 | MTC-00018746
Warn, James | 0001 | MTC-00032776
Warnack, Michael | 0001 | MTC-00017987
Warneke, Lon | 0001 | MTC-00006955
Warner, Andy | 0001 | MTC-00028470
Warner, Arden | 0001 | MTC-00008082
Warner, Bill | 0001 | MTC-00017494
Warner, Clark | 0002 | MTC-00002319
Warner, Doug | 0001 | MTC-00029241
Warner, Fran | 0001 | MTC-00019272
Warner, J.P. | 0001 | MTC-00025037
Warner, Mason | 0001 | MTC-00016725
Warner, Ruth | 0001 | MTC-00025630
Warner, Todd | 0001 | MTC-00025541
Warner, William | 0002 | MTC-00017590
Warnes, Gregory | 0003 | MTC-00016505
Warnick, Brad | 0001 | MTC-00021397
Warnick, Derek | 0001 | MTC-00012592
Warnocz, Matt | 0001 | MTC-00001282
Warot, Mike | 0002 | MTC-00022144
Warren, Andrew | 0001 | MTC-00010314
Warren, Andrew | 0001 | MTC-00021880
Warren, Andrew | 0002 | MTC-00032219
Warren, Bob | 0001 | MTC-00025731
Warren, Brian | 0001 | MTC-00002371
Warren, Clinton L. | 0001 | MTC-00023116
Warren, Donovan | 0002 | MTC-00003845
Warren, Douglas | 0002 | MTC-00032350
Warren, Ellen | 0001 | MTC-00011609
Warren, Ellen | 0001 | MTC-00014058
Warren, Jerry | 0001 | MTC-00012971
Warren, Lee | 0001 | MTC-00000322
Warren, Michael | 0001 | MTC-00008384
Warren, Robert | 0001 | MTC-00005357
Warren, Robert C. | 0001 | MTC-00004177
Warren, Scott | 0001 | MTC-00002453
Warren, Wilson Franklin | 0001 | MTC-00027571
Warrensford, Dan | 0001 | MTC-00008301
Warrensford, Dan | 0001 | MTC-00011532
Warrensford, Dan | 0002 | MTC-00022887
Warring, Jack | 0001 | MTC-00005421
Warrington, Jeff | 0001 | MTC-00019829
Warsaw, Barry A. | 0001 | MTC-00015336
Warsham, Margaret L. | 0001 | MTC-00027447
Warshawsky, Susan | 0001 | MTC-00031063
Warsi, Saif A. | 0001 | MTC-00003942
Wartell, James | 0001 | MTC-00015026
Washbumu, WK | 0001 | MTC-00031217
Washburn, Brian | 0001 | MTC-00015830
Washburn, Nelson | 0001 | MTC-00009192
Washington Legal Foundation | 0013 | MTC-00030601
Washington, Craig | 0001 | MTC-00001717
Washington, Craig | 0001 | MTC-00008502
Washington, Will | 0001 | MTC-00021087
Wasilewski, Stefan | 0002 | MTC-00018082
Waski, Jane | 0002 | MTC-00010723
Wason, Pete | 0001 | MTC-00004155
Wass, Karen | 0001 | MTC-00007021
Wassendorf, Russell | 0001 | MTC-00021026
Wassil, Michael | 0001 | MTC-00016697
Wassinger, William | 0001 | MTC-00007187
Wassman, Christopher | 0002 | MTC-00018699
Wasson, Tom | 0001 | MTC-00016986
Waszewski, John | 0001 | MTC-00028862
Watanabe, Henry M. | 0001 | MTC-00007101
Watanabe, Nathan | 0002 | MTC-00022584
Wate, Tyler | 0001 | MTC-00032946
water1@ ij.net | 0001 | MTC-00021431
Waterman, Bryan | 0001 | MTC-00004036
Waterman, Bryan | 0002 | MTC-00017074
Waterman, Jason | 0001 | MTC-00016908
Waterman, Joel | 0002 | MTC-00017671
Waters, Alice | 0001 | MTC-00030920
Waters, David M. | 0001 | MTC-00014335
Waters, Dolly | 0002 | MTC-00027993
Waters, Durano C. | 0002 | MTC-00012037
Waters, Jeff | 0001 | MTC-00003035
Waters, Kyle | 0001 | MTC-00008976
Waters, Kylie | 0002 | MTC-00032318
Waterson, Chris | 0001 | MTC-00028093
Waterson, Chris | 0001 | MTC-00028561
Wathen, Eugene | 0001 | MTC-00031249
Wather, Frederick and Coleen | 0001 | MTC-00026043
Watkins, Angela | 0001 | MTC-00011061
Watkins, Benjamin | 0001 | MTC-00016447
Watkins, David | 0001 | MTC-00007729
Watkins, David | 0001 | MTC-00004320
Watkins, Howard D. | 0001 | MTC-00025972
Watkins, Jared | 0001 | MTC-00021162
Watkins, Jeff | 0002 | MTC-00017657
Watkins, Marv | 0001 | MTC-00002673
Watkins, Marv | 0001 | MTC-00018605
Watkins, Nancy H. | 0001 | MTC-00031241
Watkins, Steve | 0001 | MTC-00004675
Watkins, Steve | 0002 | MTC-00016606
Watkins, Travis | 0002 | MTC-00021767
Watlington, John A. | 0001 | MTC-00028325
Watson, Anne | 0001 | MTC-00018193
Watson, Dave | 0001 | MTC-00004188
Watson, David | 0001 | MTC-00029215
Watson, Dirk | 0001 | MTC-00021913
Watson, Donald | 0001 | MTC-00032095
Watson, Edward | 0001 | MTC-00029442
Watson, Eric | 0002 | MTC-00013657
Watson, Gary | 0001 | MTC-00015037
Watson, Greg | 0001 | MTC-00022891
Watson, Ken | 0001 | MTC-00020141
Watson, Kurt | 0001 | MTC-00017806
Watson, Lawrence J. | 0001 | MTC-00021663
Watson, Michael | 0002 | MTC-00020205
Watson, Richard | 0001 | MTC-00005222
Watson, Rosemary | 0001 | MTC-00005899
Watson, Ryan | 0001 | MTC-00023492
Watson, Shane | 0001 | MTC-00024128
Watson, Todd | 0002 | MTC-00003040
Watson, Tom | 0001 | MTC-00000522
Watson, Tom | 0001 | MTC-00015750
Watson, Tom | 0001 | MTC-00025262
Watson, William C. | 0001 | MTC-00022945
Watters, Josh | 0002 | MTC-00021125
Watters, Wesley | 0001 | MTC-00010198
Watton, Alex | 0001 | MTC-00015562
Watts Family | 0001 | MTC-00003542
Watts, Carol | 0001 | MTC-00026558
Watts, Coleman | 0001 | MTC-00021745
Watts, G. W. | 0001 | MTC-00030573
Watts, Gail | 0001 | MTC-00013965
Wauck, Mark | 0001 | MTC-00004895
Waulk, Van B. | 0001 | MTC-00020430
Wawronowicz, Richard P. | 0001 | MTC-00000459
Wawronowicz, Richard P. | 0001 | MTC-00000460
Waxdahl, Nancy | 0001 | MTC-00029898
Waxman, Harvey D.M.D. | 0001 | MTC-00007879
Way, Dale W. | 0001 | MTC-00004231
Way, Shelley | 0002 | MTC-00025221
Wayne, Annabel | 0001 | MTC-00005563
Wayne, Annabel | 0001 | MTC-00005550
Wayne, Rosa | 0001 | MTC-00003151
Wayne, Rose | 0003 | MTC-00029731
wayned1@ earthlink.net | 0001 | MTC-00021437
wa—mouse@ hotmail.com | 0001 | MTC-00024774
wbergset@ isd.net | 0001 | MTC-00025095
wchsr@ bellatlantic.net | 0001 | MTC-00010915
wcollar@ jheng.com | 0001 | MTC-00021446
wdcameron@ attisi.com | 0001 | MTC-00017308
Weage, D. James | 0001 | MTC-00024046
Weaks, Bill | 0001 | MTC-00014224
wearent@ aol.com | 0001 | MTC-00028599
Weast, Gordon | 0001 | MTC-00002199
Weast, Lane | 0001 | MTC-00015314
Weatherell, David M. | 0001 | MTC-00026447
Weatherford, Paul D. | 0001 | MTC-00004329
Weatherford, Paul D. | 0001 | MTC-00007303
Weathers, Cliff | 0001 | MTC-00022093
Weatherspoon, John | 0001 | MTC-00002811
Weathjer, Norman R. | 0003 | MTC-00024918
Weaver, Carolyn | 0001 | MTC-00010123
Weaver, John | 0001 | MTC-00022692
Weaver, John B. | 0001 | MTC-00003121
Weaver, Judyth | 0001 | MTC-00027950
Weaver, Lester E. | 0002 | MTC-00032015
Weaver, Mark | 0001 | MTC-00029311
Weaver, Mary C. | 0001 | MTC-00021731
Weaver, Matt | 0001 | MTC-00018395
Weaver, Merle | 0001 | MTC-00027225
Weaver, Pete | 0001 | MTC-00020672
Weaver, Timothy | 0001 | MTC-00023366
Webb, Jon | 0001 | MTC-00003937
Webb, Kathleen | 0001 | MTC-00027561
Webb, Kathleen | 0001 | MTC-00013421
Webb, Marc | 0001 | MTC-00021538
Webb, Margaret | 0001 | MTC-00031301
Webb, Matt | 0001 | MTC-00013962
Webb, Michael | 0001 | MTC-00019567
Webb, Ralph A. | 0001 | MTC-00021532
Webb, Timothy J. | 0001 | MTC-00018926
Webb, W. | 0001 | MTC-00002520
Webb, Wilfred | 0001 | MTC-00023679
Webber, ernest Paul | 0001 | MTC-00028798
Webber, Paul M. | 0002 | MTC-00002146
Weber, Arthur | 0002 | MTC-00021057
Weber, Blanc | 0001 | MTC-00011054
Weber, Jim and/or Betty | 0001 | MTC-00000612
Weber, Joe | 0001 | MTC-00006498
Weber, Joe | 0001 | MTC-00018557
Weber, Karen | 0001 | MTC-00004290
Weber, Ken | 0001 | MTC-00022079
Weber, Les | 0001 | MTC-00014443
Weber, Lucille | 0001 | MTC-00020544
Weber, M. | 0001 | MTC-00011885
Weber, Robert and Vivian | 0001 | MTC-00011815
Weber, Sandra | 0001 | MTC-00011836
Weberg, Christopher | 0001 | MTC-00024123
Webert, James | 0002 | MTC-00010321
webmaster@ geltenrich.com | 0001 | MTC-00028236
Webservant, William Hailer | 0003 | MTC-00004861
Webster, Clay | 0001 | MTC-00003619
Webster, Edwin | 0002 | MTC-00033518
Webster, Greg | 0001 | MTC-00002971
Webster, John | 0001 | MTC-00009042
Webster, June W. | 0001 | MTC-00014244
Webster, Rich | 0001 | MTC-00002452
Webster, Warren-Albert | 0001 | MTC-00013740
Weckbacher, Dale | 0001 | MTC-00023891
Weckstine@ aol.com | 0001 | MTC-00007642
Weddington, Susan | 0001 | MTC-00033794
Wedekind, Al | 0001 | MTC-00008810
Wedekind, Al | 0001 | MTC-00012098
Wedge, Gene | 0001 | MTC-00005686
Wedin, Isaac | 0001 | MTC-00018301
Wedlake, Cathleen | 0001 | MTC-00009389
Weeber, Ruth | 0001 | MTC-00028928
Weed, Jeff | 0001 | MTC-00008109
Weed, Lana | 0001 | MTC-00002905
Weed, Lana | 0001 | MTC-00002907
Weekley, Michael | 0001 | MTC-00032712
Weeks, Casey | 0001 | MTC-00001551
Weeks, Chris | 0001 | MTC-00020426
Weeks, Dan | 0001 | MTC-00024041
Weeks, Delilah | 0001 | MTC-00014341
Weeks, Donald | 0001 | MTC-00022688
Weeks, Eric | 0001 | MTC-00027467
Weeks, Jonathan | 0001 | MTC-00019484
Weeler, Robert | 0004 | MTC-00022835
weep@ gte.net | 0001 | MTC-00010907
Wegener, Brian | 0001 | MTC-00013507
Wegener, Kenneth | 0001 | MTC-00026469
Weger, Kenneth J. | 0001 | MTC-00030316
Weger, Kenneth J. | 0001 | MTC-00031992
Wegerg, Don | 0001 | MTC-00029128
Wegman, Michael | 0001 | MTC-00032700
Wehb, Roger | 0001 | MTC-00008923
Wehner, F. E. | 0001 | MTC-00030442
Wehring, Brenden | 0002 | MTC-00032920
Wehrle, Robert | 0001 | MTC-00013059
Wehser, Sen | 0001 | MTC-00019062
Weiblen, Cernise | 0002 | MTC-00033387
Weiblen, Cerrise | 0002 | MTC-00023892
Weiblen, Michael | 0001 | MTC-00022675
Weichert, Ken | 0001 | MTC-00001689
Weichold, Barbara | 0001 | MTC-00022137
Weide, Don | 0001 | MTC-00012780
Weiderholt, Adam | 0002 | MTC-00032341
Weidlick, Michael | 0001 | MTC-00019908
Weidner, Larry | 0001 | MTC-00006970
Weigert, Daniel | 0001 | MTC-00017589
Weigle, Matthew | 0001 | MTC-00024442
Weijanzhang@ hotmail.com | 0001 | MTC-00027769
Weik, Steve | 0003 | MTC-00011015
Weil, Eric | 0001 | MTC-00019448
Weil, Ralph | 0001 | MTC-00008314
Weiland, Ken | 0001 | MTC-00004015
Weiler, Robert | 0004 | MTC-00017967
Weilnan, Stanley | 0001 | MTC-00001730
Weily, Viveka | 0002 | MTC-00003457
Weimer, Al | 0001 | MTC-00003072
Weinbeng, Gerry | 0001 | MTC-00031604
Weinberg, Gerry | 0001 | MTC-00006408
Weinberg, Jerome | 0001 | MTC-00008398
Weinberg, Les | 0002 | MTC-00009037
Weinbert, Zachary | 0001 | MTC-00027569
Weinblatt, Deke | 0001 | MTC-00004283
Weiner, Mildred | 0001 | MTC-00008182
Weiner, Robert | 0002 | MTC-00018145
Weinman, Merle | 0001 | MTC-00009357
Weinstein, Morris | 0001 | MTC-00031888
Weinstein, Randy | 0001 | MTC-00024550
Weinstein, Sam | 0001 | MTC-00019245
Weintraub, Lynne | 0001 | MTC-00000128
Weintraub, Marc S. | 0003 | MTC-00025763
Weintraub, Marc S. | 0003 | MTC-00025769
Weintraut, Joe | 0002 | MTC-00024098
Weinzierl, Bill | 0001 | MTC-00009267
Weir, John | 0002 | MTC-00033306
Weir, Thomas | 0002 | MTC-00010139
Weirbach, Sam | 0001 | MTC-00006237
Weirich, bill | 0001 | MTC-00008349
Weis, Eri | 0004 | MTC-00020055
Weis, Gordon F. | 0001 | MTC-00006216
Weis, John | 0001 | MTC-00007019
Weis, John | 0001 | MTC-00009240
Weis, Richard | 0001 | MTC-00005390
Weisberg, Harold | 0001 | MTC-00006892
Weise, Jim | 0001 | MTC-00013389
Weisel, John T. | 0001 | MTC-00009299
Weisel, MIchael | 0003 | MTC-00031666
Weiss, Chris | 0001 | MTC-00025551
Weiss, Christina | 0001 | MTC-00029108
Weiss, Damien | 0001 | MTC-00021183
Weiss, Harlene | 0001 | MTC-00007046
Weiss, Rick | 0001 | MTC-00015971
Weissblum, Ken | 0001 | MTC-00005432
Weissburg, E. S. | 0001 | MTC-00023432
Weissenburg, Harold W. | 0001 | MTC-00008447
Weissman, Jocelyn and Allan | 0002 | MTC-00003493
Weist, J. D. | 0001 | MTC-00031823
Weitz, Russell | 0001 | MTC-00002415
Weitzel, Chuck | 0001 | MTC-00005008
Weitzman, Moshe | 0001 | MTC-00020841
Welble-Jones, Angie | 0001 | MTC-00030024
Welbourne, Jeff | 0001 | MTC-00005784
Welch, Dick | 0001 | MTC-00011479
Welch, Eric | 0001 | MTC-00001381
Welch, George | 0001 | MTC-00004035
Welch, Jeff | 0001 | MTC-00021075
Welch, R | 0001 | MTC-00022503
Welch, Roy | 0002 | MTC-00027751
Welch, Thomas | 0001 | MTC-00012449
Welch, Victoria | 0003 | MTC-00004487
Welcker, Ernie | 0002 | MTC-00014786
Weldon, Larry | 0001 | MTC-00003138
Weldon, Patrick | 0001 | MTC-00031723
Weldon, Thomas Paul | 0001 | MTC-00030717
Weleer, Don M. | 0001 | MTC-00025368
Wellens, Jane | 0001 | MTC-00027903
Weller, Peter | 0001 | MTC-00006731
Weller, Peter A. | 0001 | MTC-00013320
Weller, Robert A. | 0001 | MTC-00006651
Weller, Steve | 0001 | MTC-00026669
Welles, Linda | 0001 | MTC-00015478
Wellford, McDonald | 0001 | MTC-00021618
Welling, Benton | 0002 | MTC-00032199
Welling, Mike | 0001 | MTC-00023092
Welling, Mike | 0002 | MTC-00032483
Wellington, Brad | 0001 | MTC-00000257
Wellington, Brad | 0001 | MTC-00000294
Wellington, Bradley | 0001 | MTC-00011100
Wellner, Rich | 0002 | MTC-00004698
Wellons, Melvin | 0001 | MTC-00021640
Wells, Chris | 0001 | MTC-00015423
Wells, Daniel | 0001 | MTC-00003197
Wells, Daniel | 0002 | MTC-00005344
Wells, Deanna | 0001 | MTC-00008648
Wells, Dee | 0001 | MTC-00011563
Wells, Kathryn | 0001 | MTC-00012030
Wells, Lon | 0002 | MTC-00033258
Wells, Lynda | 0001 | MTC-00012099
Welsch, Dave | 0001 | MTC-00001073
Welsch, Kit | 0002 | MTC-00010700
Welsch, Kit | 0001 | MTC-00006557
Welsh, Charles | 0001 | MTC-00019356
Welsh, Chris | 0001 | MTC-00000255
Welsh, J. | 0001 | MTC-00009002
Welsh, Judith | 0001 | MTC-00008328
Welshaud, Marvin | 0001 | MTC-00008922
Welshong, Linda | 0002 | MTC-00008170
Welshons, Cihola | 0001 | MTC-00021834
Weltanhouse@ msn.com | 0001 | MTC-00010435
Welter, Bill | 0001 | MTC-00004406
Welter, Don | 0001 | MTC-00027153
Welter, Don | 0001 | MTC-00013977
Welti, Russ | 0001 | MTC-00003089
Welty, Andrew | 0001 | MTC-00026799
Wender, Diane | 0001 | MTC-00025991
Wender, Sherri | 0001 | MTC-00011508
Wendling, Lonnie | 0001 | MTC-00012325
Wendling, Lonnie | 0001 | MTC-00021584
Wendling, Rich | 0001 | MTC-00025676
Wendoloski, Darrow | 0001 | MTC-00023875
Wendt, Gary | 0001 | MTC-00016353
Wendt@ research.buffalo.edu | 0001 | MTC-00027689
wendyfairfield@ aol.com | 0001 | MTC-00024761
Wengeler, Achim | 0001 | MTC-00017468
Wenger, Christian | 0001 | MTC-00018695
Wenger, Constance S. | 0001 | MTC-00013572
Wenger, John R. | 0001 | MTC-00004462
Wenger, Mary E. | 0001 | MTC-00031369
Wenigman, Ed | 0001 | MTC-00021752
wenparrish@ aol.com | 0001 | MTC-00007993
Wenrick, Jack | 0001 | MTC-00001350
Wensley, Matthew | 0001 | MTC-00002080
Wentzel, Oscar | 0001 | MTC-00010130
Wentzel, Robert | 0001 | MTC-00031102
Weot, Jeff and September | 0001 | MTC-00014016
Werberg, Michael L. | 0001 | MTC-00008987
Werckmeister, Robert | 0001 | MTC-00016733
Werkmeister, Rick | 0001 | MTC-00003301
Werle, Bill | 0001 | MTC-00018032
Werle, Donald | 0002 | MTC-00033145
Werner, Christopher Michael | 0001 | MTC-00016385
Werner, Eric | 0002 | MTC-00002587
Werner, Kathleen | 0001 | MTC-00022830
Werner, Keith | 0001 | MTC-00031695
Werner, Leonard | 0001 | MTC-00003071
Werner, Robert A. | 0001 | MTC-00010337
Wernicki, Michael W. | 0001 | MTC-00019070
Wernli, Josef | 0001 | MTC-00007347
Werpy, Jason | 0001 | MTC-00016363
Wersan, Stephen J. | 0001 | MTC-00009290
Werth, Brad | 0001 | MTC-00001279
Werth, Brad | 0001 | MTC-00013410
Wertheimer, Phillip | 0001 | MTC-00005598
Werts, Lucy Day | 0002 | MTC-00026514
Wertz, William | 0001 | MTC-00008044
Wes Bateman | 0001 | MTC-00019739
Wesalake, W. Craig | 0001 | MTC-00010667
Wescott, Jeff | 0001 | MTC-00022636
Weseman, Luke | 0001 | MTC-00002817
Wesimeyer, J. | 0002 | MTC-00024940
Wesner, Kirk | 0002 | MTC-00008698
Wesselman, Nick | 0001 | MTC-00015447
Wessels, Richard | 0001 | MTC-00011466
Wessman, Lyn | 0002 | MTC-00009285
Wessol, Dan | 0001 | MTC-00002889
Wesson, Gilbert | 0001 | MTC-00025473
West Tennessee Print | 0002 | MTC-00000068
West, Andy | 0001 | MTC-00007721
West, Bradford | 0002 | MTC-00006133
West, Brian | 0001 | MTC-00001314
West, Brian | 0001 | MTC-00007595
West, Charles | 0001 | MTC-00008585
West, Christina | 0001 | MTC-00017950
West, Dennis | 0002 | MTC-00004802
West, Frank | 0001 | MTC-00029294
West, Fred | 0001 | MTC-00011794
West, Gerry | 0001 | MTC-00006334
West, Gerry | 0001 | MTC-00012038
West, J.C. | 0002 | MTC-00024370
West, Jim | 0001 | MTC-00020882
West, Jim | 0001 | MTC-00019303
West, Joel | 0001 | MTC-00029514
West, Kathleen | 0001 | MTC-00031200
West, Lee and Bobby | 0001 | MTC-00028889
Westberg, Michael | 0003 | MTC-00000792
Westberg, Robert | 0001 | MTC-00008713
Westbrooks, Jack | 0001 | MTC-00030624
Westcoat, Mic | 0001 | MTC-00023728
Westenberg, Harry | 0001 | MTC-00029695
Westenkow, Richard | 0002 | MTC-00004152
Westerdale | 0002 | MTC-00020034
Westerdale, John | 0001 | MTC-00000443
Westerman, Damian | 0001 | MTC-00020921
Westgard, Sten | 0001 | MTC-00003149
WestKamper, Mike | 0001 | MTC-00004603
Westlake, Craig W. | 0001 | MTC-00023294
Westlake, Jason | 0001 | MTC-00027319
Westlund, J. | 0001 | MTC-00007055
Weston, Carole | 0001 | MTC-00014638
Weston, David | 0001 | MTC-00029940
Weston, Gerald | 0001 | MTC-00007933
Weston, J. K. | 0004 | MTC-00032604
Westover, Michael | 0001 | MTC-00008230
Wetherall, John | 0001 | MTC-00019532
Wetherbee, Charles D. | 0001 | MTC-00030890
Wetherhold, Kent W. | 0001 | MTC-00008598
Wetherway, Rand | 0001 | MTC-00001399
Wetherway, Rand | 0001 | MTC-00001401
Wethington, Nancy | 0001 | MTC-00012687
Wetzel, Jack | 0001 | MTC-00032049
Wetzl, Tom | 0001 | MTC-00012533
Weukbacher, Dale | 0001 | MTC-00033386
Weuve, Christopher | 0001 | MTC-00016921
Wexler, Mike | 0002 | MTC-00000697
Wexler, Mike | 0003 | MTC-00018893
Weyand, Shirley | 0001 | MTC-00023331
Weyenberg, Rick | 0001 | MTC-00005206
Weyenberg, Rick | 0001 | MTC-00032363
Weyfens, Randall | 0001 | MTC-00010582
Weygandt, John | 0001 | MTC-00013890
WFH@ byesdomny.woland.net | 0001 | MTC-00003076
wguyco@ aol.com | 0001 | MTC-00024284
Whalen, Ann | 0001 | MTC-00007700
Whalen, Mike | 0002 | MTC-00000270
Whalen, Patrick | 0002 | MTC-00032235
Whalen, Patrick | 0002 | MTC-00032927
Whaler, Alan | 0001 | MTC-00013562
Whaley, Ralph | 0001 | MTC-00008601
Whaley, Ralph C. | 0001 | MTC-00014421
Wharton, Barbara | 0001 | MTC-00023471
Wharton, Brett | 0002 | MTC-00008165
Wharton, Michael | 0002 | MTC-00019566
Wharton, Nat | 0001 | MTC-00003828
Wharton, Richard C. | 0001 | MTC-00009767
Whatley, James | 0001 | MTC-00033036
Wheat, Mitch | 0001 | MTC-00019810
Wheat, Robert | 0001 | MTC-00011079
Wheaton, Pat | 0001 | MTC-00016550
Wheder, Raymond | 0001 | MTC-00022569
Whedon, David | 0001 | MTC-00017129
Wheeldon, Kathy | 0001 | MTC-00021188
Wheeler, Charles | 0001 | MTC-00021117
Wheeler, Dan | 0001 | MTC-00021949
Wheeler, David | 0001 | MTC-00016487
Wheeler, David | 0001 | MTC-00017693
Wheeler, David A. | 0003 | MTC-00030331
Wheeler, Donna | 0001 | MTC-00022770
Wheeler, F.E. | 0001 | MTC-00025471
Wheeler, Gina | 0002 | MTC-00002495
Wheeler, Irene M. | 0001 | MTC-00031207
Wheeler, James | 0001 | MTC-00023522
Wheeler, Jesse | 0001 | MTC-00025030
Wheeler, Kathy | 0001 | MTC-00018147
Wheeler, Keith D. | 0002 | MTC-00030451
Wheeler, Ken | 0002 | MTC-00033437
Wheeler, Kyle | 0001 | MTC-00018709
Wheeler, Nancy | 0001 | MTC-00024969
Wheeler, Paul | 0001 | MTC-00005151
Wheeler, Peggy | 0001 | MTC-00014073
Wheeler, Steven R. | 0001 | MTC-00027247
Wheelus, Charles | 0002 | MTC-00018067
Whelan, Daniel | 0001 | MTC-00030812
Whelan, Jerry | 0002 | MTC-00023512
Whelan, John W. | 0001 | MTC-00006511
whennz0009@ aol.com | 0001 | MTC-00014538
Whicker, Jeff | 0002 | MTC-00011084
Whineya@ aol.com | 0001 | MTC-00012757
Whinnery, Petter | 0001 | MTC-00023796
Whipple, Christopher | 0001 | MTC-00000814
Whitaker, Betty | 0002 | MTC-00004844
Whitaker, C. Dean | 0005 | MTC-00032079
Whitaker, John | 0001 | MTC-00000199
Whitaker, Steve | 0001 | MTC-00001263
Whitaker, Susan | 0001 | MTC-00014359
Whitaker, Susan | 0001 | MTC-00009964
Whitbeck, George | 0001 | MTC-00024951
Whitcomb, Matthew | 0001 | MTC-00006086
Whitcroft, Andrew | 0001 | MTC-00015492
White, Bob | 0002 | MTC-00032516
White, Brenda | 0001 | MTC-00018822
WHite, Carol L. | 0001 | MTC-00031070
White, carson | 0001 | MTC-00024886
White, Charles | 0001 | MTC-00012332
White, Charles | 0002 | MTC-00033155
White, Christopher | 0001 | MTC-00024446
White, David | 0001 | MTC-00023455
White, David | 0001 | MTC-00025661
White, David | 0001 | MTC-00012794
White, Don and Rachel | 0001 | MTC-00022441
White, Douglas R. | 0001 | MTC-00009582
White, Emily | 0001 | MTC-00031285
White, Fred | 0001 | MTC-00031759
White, Greg | 0001 | MTC-00032096
White, James | 0001 | MTC-00010752
White, James | 0001 | MTC-00033566
White, James | 0001 | MTC-00004280
White, James E. | 0002 | MTC-00030150
White, James S. | 0001 | MTC-00015684
White, Jeff | 0001 | MTC-00001448
White, Jeffrey | 0002 | MTC-00000503
White, Jeremy | 0006 | MTC-00022789
White, Jim | 0001 | MTC-00027513
White, Jo Ann | 0001 | MTC-00005336
White, John | 0001 | MTC-00012517
White, John and Doris | 0001 | MTC-00009453
White, Judy | 0001 | MTC-00013304
White, Keith R. | 0001 | MTC-00005091
White, Kelly | 0001 | MTC-00017640
White, Ken | 0001 | MTC-00028828
White, Kevin | 0001 | MTC-00015738
White, Kevin | 0001 | MTC-00005514
White, Linda | 0006 | MTC-00023446
White, Lynne | 0001 | MTC-00020329
White, Mack and Lilly | 0001 | MTC-00026584
White, Marcus | 0001 | MTC-00022570
White, Marty | 0002 | MTC-00020764
White, Michael | 0001 | MTC-00012455
White, Mrs. J.H. | 0001 | MTC-00026874
White, N. | 0006 | MTC-00008779
White, Oscar | 0001 | MTC-00026948
White, Paul | 0001 | MTC-00007472
White, Randy | 0001 | MTC-00009230
White, Reed | 0001 | MTC-00017752
White, Robert | 0001 | MTC-00003686
White, Sarah | 0001 | MTC-00014153
White, Steven | 0002 | MTC-00002433
White, Steven | 0002 | MTC-00027868
White, Steven | 0001 | MTC-00028031
White, Steven | 0001 | MTC-00030582
White, Sue | 0001 | MTC-00007539
White, Vernon | 0002 | MTC-00033087
White, Vince | 0001 | MTC-00003281
White-Lowther, Justin | 0001 | MTC-00019249
Whitecomb, David | 0001 | MTC-00015220
Whitecotton, Brian R. | 0001 | MTC-00017707
Whitehead, Myron | 0001 | MTC-00016124
Whitehorn, Sue | 0001 | MTC-00025304
Whitehouse, Alexander | 0001 | MTC-00000020
Whitehouse, Elaine | 0001 | MTC-00014858
Whitehurst, Bobby | 0002 | MTC-00025562
Whitehurst, Lucretia | 0001 | MTC-00031208
Whitener, Miles | 0001 | MTC-00022578
Whitesage, Michael | 0001 | MTC-00003936
Whiteside, Ralp | 0001 | MTC-00011640
Whitewood, Paul | 0001 | MTC-00001501
Whitfield, Ray | 0003 | MTC-00004238
Whitlach, Kendall | 0001 | MTC-00017536
Whitley, Jeannette | 0001 | MTC-00033014
Whitley, Mark | 0003 | MTC-00018292
Whitley, Sharon | 0001 | MTC-00020970
Whitlock, Bill | 0001 | MTC-00028702
Whitlock, Diane | 0001 | MTC-00033600
Whitmarsh, Douglas | 0001 | MTC-00010778
Whitmer, Ray | 0003 | MTC-00028962
Whitmer, Ray | 0003 | MTC-00028894
Whitmore, Bernard | 0001 | MTC-00031016
Whitmore, Doug | 0001 | MTC-00022499
Whitmore, Paul | 0001 | MTC-00000875
Whitmore, Paul | 0001 | MTC-00000878
Whitney, Alex | 0002 | MTC-00013431
Whitney, Cushing | 0003 | MTC-00016682
Whitney, Dennis | 0001 | MTC-00017720
Whitney, Justin | 0001 | MTC-00020067
Whitney, Mike | 0001 | MTC-00014973
Whitney, Nancy Goroff | 0001 | MTC-00025568
Whitson, Art | 0001 | MTC-00021014
Whitson, Arthur | 0001 | MTC-00005976
Whitson, John | 0002 | MTC-00015362
Whitt, Robert K. | 0001 | MTC-00009043
Whittaker, Dennis | 0002 | MTC-00011266
Whitten, Doyle E. | 0001 | MTC-00011271
Whitten, Doyle E. | 0001 | MTC-00005159
Whitten, Ellen M. | 0001 | MTC-00031592
Whitten, James R. | 0003 | MTC-00027484
Whittet, Peter | 0001 | MTC-00030497
Whittier, Richard | 0001 | MTC-00025619
Whittington, Jason | 0001 | MTC-00018077
Whittington, Tim | 0001 | MTC-00009860
Whittle, Buzz | 0001 | MTC-00006620
Whittle, Nikki | 0001 | MTC-00024331
Whitworth, Tommy Share | 0001 | MTC-00015814
Whobrey, Ronald D. | 0001 | MTC-00005569
Whyte, Lamaan | 0001 | MTC-00003299
Wiatrak, Ernest | 0001 | MTC-00028570
Wible, Tom | 0001 | MTC-00026783
Wibuwo, Anif Sahari | 0001 | MTC-00028506
Wice, John | 0001 | MTC-00001611
Wice, Joyce | 0002 | MTC-00032237
Wick, Dale | 0001 | MTC-00023693
Wick, Laura | 0001 | MTC-00016756
Wick, Marilee | 0001 | MTC-00013196
wick@ nagoghill.com | 0001 | MTC-00014534
Wickenkamp, Don | 0001 | MTC-00013450
Wicker, Dennis A. | 0001 | MTC-00031358
Wickland, Connie | 0001 | MTC-00024702
Wickland, Connie | 0001 | MTC-00010788
Wickline, Thomas | 0001 | MTC-00022766
Wicks, Allen | 0002 | MTC-00001292
Wicks, Allen | 0002 | MTC-00001297
Widen, Linette | 0001 | MTC-00025548
Widenor, William | 0001 | MTC-00020571
WIDGEON212@ aol.com | 0001 | MTC-00013378
Widlansky, Hal | 0001 | MTC-00000328
Widman, Erick and Ivy | 0001 | MTC-00013788
Widmer, Jack | 0001 | MTC-00021951
Wiebe, David | 0001 | MTC-00016054
Wieck, Randy | 0001 | MTC-00004908
Wiedemann, Steve | 0001 | MTC-00004360
Wiedemann, Steve | 0002 | MTC-00013409
Wieder, Laurie | 0002 | MTC-00028471
Wiedman, Jim | 0001 | MTC-00024416
Wiedmer, Vondes | 0001 | MTC-00029712
Wiedower, Anthony | 0001 | MTC-00013856
Wiegand, Joseph | 0002 | MTC-00029834
Wielage, ron | 0001 | MTC-00024071
Wielage, Ron | 0001 | MTC-00024062
Wieland, Alexis | 0001 | MTC-00016461
Wieleba, Anthony | 0001 | MTC-00005321
Wielgosz, Richadus Vincencius | 0002 | MTC-00003699
Wieltschnig, Mike | 0001 | MTC-00030653
Wieman, Bob | 0002 | MTC-00026603
Wiemer-Hastings, Peter | 0001 | MTC-00018515
Wiemers, Scott | 0001 | MTC-00002529
Wiemers, Sondra | 0001 | MTC-00030826
Wiener, Dale | 0001 | MTC-00027639
Wiener, Wallace | 0001 | MTC-00031123
Wier, Colin | 0001 | MTC-00019339
Wierman, Dale | 0001 | MTC-00006786
Wiernik, Clifford | 0002 | MTC-00014057
Wiesen, Allen | 0001 | MTC-00010270
Wiesenmeyer, John | 0002 | MTC-00024892
Wiesenmeyer, Scott | 0002 | MTC-00001794
Wietiug, Ethan P. | 0001 | MTC-00009130
Wigger, Robert | 0001 | MTC-00029185
Wiggers, Don | 0001 | MTC-00022980
Wiggers, Tom | 0001 | MTC-00004361
Wiggins, Adam | 0001 | MTC-00018509
Wiggins, Elizabeth | 0001 | MTC-00007106
Wiggins, William | 0001 | MTC-00031267
Wiggnehorn, James K. | 0001 | MTC-00023270
Wight, Matthew | 0001 | MTC-00018930
Wiginton, Willie | 0001 | MTC-00005866
Wihgert, Ken | 0002 | MTC-00028527
Wiitala, Wilma | 0001 | MTC-00006712
Wike, Ron | 0002 | MTC-00029012
wilbertg@ home.com | 0001 | MTC-00010463
Wilbrettre@ aol.com | 0001 | MTC-00006461
Wilburn, Darrell L. | 0002 | MTC-00027519
Wilburn, Darryl | 0001 | MTC-00004129
Wilcox, Deb | 0001 | MTC-00006757
Wilcox, Howard A. | 0001 | MTC-00006394
Wilcox, Howard A. | 0001 | MTC-00030751
Wilcox, Jan | 0001 | MTC-00020640
Wilcox, Thomas | 0001 | MTC-00030645
Wilcox, Tom | 0001 | MTC-00018902
Wilcoxon, Barbara Ann | 0001 | MTC-00025736
Wilcoxon, Steve | 0001 | MTC-00018850
Wilcoxson, B.A. | 0001 | MTC-00011616
Wilcoxson, Jim | 0001 | MTC-00002484
Wildavsky, Adam | 0001 | MTC-00028731
Wilde, Brent | 0002 | MTC-00029256
Wilde, C.J. | 0001 | MTC-00001630
Wildenberg, Andrew | 0004 | MTC-00027066
Wilder, Joe Micki | 0001 | MTC-00004422
Wilder, John | 0001 | MTC-00011666
Wilder, Mr and Mrs. A. J. | 0001 | MTC-00006299
Wilder, Scott | 0001 | MTC-00020016
Wilding, Alvin G. | 0002 | MTC-00033430
Wilds, John L. | 0001 | MTC-00030042
Wilemon, Donnie | 0001 | MTC-00006307
WILENSD@ aol.com | 0001 | MTC-00009033
Wiles, Jerry | 0001 | MTC-00022588
Wiles, Lloyd | 0001 | MTC-00026902
Wiley, Bob | 0002 | MTC-00010494
Wiley, David | 0002 | MTC-00015788
Wiley, Linda | 0001 | MTC-00007003
Wiley, Michael | 0001 | MTC-00003192
Wiley, Wilbur W. | 0001 | MTC-00010959
Wilford, Renate | 0001 | MTC-00028929
Wilhelm, Kathleen | 0001 | MTC-00022410
Wilke, Barbara | 0001 | MTC-00026515
Wilke, Sandi | 0001 | MTC-00009689
Wilken, Wade | 0001 | MTC-00006192
Wilkens, Jacob | 0001 | MTC-00015867
Wilkerson, Daniel S. | 0003 | MTC-00019992
Wilkerson, Harlan | 0004 | MTC-00028916
Wilkerson, Harlan | 0004 | MTC-00028761
Wilkerson, John | 0001 | MTC-00018922
Wilkerson, Michael C. | 0001 | MTC-00015821
Wilkes, Boyd | 0001 | MTC-00008931
Wilkins, Avery | 0002 | MTC-00019316
Wilkins, Carol | 0001 | MTC-00009402
Wilkins, Chris | 0002 | MTC-00006428
Wilkins, Gabriel | 0001 | MTC-00018052
Wilkins, James | 0001 | MTC-00029638
Wilkins, Jonathan | 0002 | MTC-00000562
Wilkins, Lynn | 0001 | MTC-00003074
Wilkinson, Alan | 0002 | MTC-00021119
Wilkinson, Don | 0001 | MTC-00010081
Wilkinson, Don | 0001 | MTC-00013301
Wilkinson, Doug | 0001 | MTC-00011292
Wilkinson, Matthew | 0001 | MTC-00013589
Wilkinson, Osric | 0001 | MTC-00014864
Wilkinson, Ward | 0002 | MTC-00033481
Wilks, Allen | 0002 | MTC-00001846
Will | 0001 | MTC-00028111
Will, Irene | 0001 | MTC-00032882
Will, Tom | 0001 | MTC-00027141
Willard, Brook | 0001 | MTC-00013610
Willard, Georgia | 0001 | MTC-00012548
Willard, Larry | 0001 | MTC-00000678
Willchinson, Mark | 0001 | MTC-00030712
Willcourt, Robin | 0001 | MTC-00020189
Willden, Greg | 0002 | MTC-00015555
Willems, James E. | 0001 | MTC-00028535
Willems, Michael | 0001 | MTC-00011078
Willes, Jeremy T. | 0001 | MTC-00002863
Willes, Julieann | 0001 | MTC-00014648
Willet, George | 0002 | MTC-00031481
Willets, Robert | 0001 | MTC-00030287
Willett, Richard | 0001 | MTC-00025158
Willett, Thomas | 0001 | MTC-00002309
Willey, Eugene | 0001 | MTC-00000281
Willey, Eugene | 0001 | MTC-00000282
Willey, Eugene | 0001 | MTC-00000671
Willey, Eugene | 0001 | MTC-00000672
Willey, Eugene L. | 0001 | MTC-00000801
Willey, Eugene L. | 0001 | MTC-00000811
Willey, Eugene L. | 0001 | MTC-00000250
Willey, Roger | 0001 | MTC-00021101
Willhauck, Christine | 0001 | MTC-00011938
William Yochum | 0001 | MTC-00030244
William, Meng | 0001 | MTC-00026068
William, Peggy | 0001 | MTC-00024361
WIlliam-Jack@ msn.com | 0001 | MTC-00011436
william@ mta2.srv.hcvlny.cv.net | 0001 | MTC-00000874
williamandgwenfisk@ msn.com | 0001 | MTC-00028133
Williams | 0001 | MTC-00029609
Williams, Aaron | 0002 | MTC-00003618
Williams, Alan R. | 0001 | MTC-00007254
Williams, Andrew | 0002 | MTC-00018225
Williams, ANdrew | 0002 | MTC-00015557
Williams, Ben | 0001 | MTC-00029764
Williams, Bill | 0001 | MTC-00020415
Williams, Bill | 0001 | MTC-00008091
Williams, Bill | 0001 | MTC-00008154
Williams, Bill | 0001 | MTC-00012066
Williams, Bonnie | 0002 | MTC-00024726
Williams, Brooks | 0001 | MTC-00013602
Williams, Celia | 0001 | MTC-00023238
Williams, Cheryl | 0001 | MTC-00014778
Williams, Chris | 0002 | MTC-00010068
Williams, Christine | 0001 | MTC-00030304
Williams, Connie | 0001 | MTC-00011402
Williams, Connie | 0002 | MTC-00005171
Williams, Daryl | 0001 | MTC-00004136
Williams, David | 0001 | MTC-00032803
Williams, David | 0002 | MTC-00023339
Williams, David | 0001 | MTC-00015385
Williams, David | 0001 | MTC-00003888
Williams, David | 0001 | MTC-00006152
Williams, David S. | 0001 | MTC-00025024
Williams, Derek | 0002 | MTC-00015515
Williams, Diane | 0002 | MTC-00033236
Williams, Dick | 0001 | MTC-00006433
Williams, Don | 0001 | MTC-00028259
Williams, Don | 0001 | MTC-00025843
Williams, Edward C. | 0002 | MTC-00002167
Williams, Emmett | 0002 | MTC-00032452
Williams, Esther | 0001 | MTC-00025450
Williams, Everett | 0001 | MTC-00006746
Williams, Frank | 0001 | MTC-00013522
Williams, Fred | 0001 | MTC-00012430
Williams, Fred | 0001 | MTC-00003325
Williams, Garrett | 0001 | MTC-00027873
Williams, Gene | 0002 | MTC-00010323
Williams, Gregg | 0002 | MTC-00028368
Williams, Harold | 0001 | MTC-00022283
Williams, Harold | 0001 | MTC-00027348
Williams, Henry | 0002 | MTC-00031289
Williams, Henry S. | 0002 | MTC-00010744
Williams, Jake | 0001 | MTC-00015277
Williams, Janet | 0001 | MTC-00012474
Williams, Jasmin | 0002 | MTC-00026418
Williams, Jeff | 0002 | MTC-00007454
Williams, Jim | 0001 | MTC-00021086
Williams, Jim | 0001 | MTC-00000728
Williams, John | 0002 | MTC-00009729
Williams, John G. | 0001 | MTC-00029194
Williams, John K. | 0001 | MTC-00013648
Williams, Karen and Harold | 0001 | MTC-00011171
Williams, Kevin | 0001 | MTC-00018773
Williams, Kevin | 0001 | MTC-00006514
Williams, Lance | 0001 | MTC-00001652
Williams, Larry | 0001 | MTC-00023632
Williams, Larry D. | 0002 | MTC-00030016
Williams, Lawrence O. | 0002 | MTC-00025047
Williams, Lee | 0001 | MTC-00010990
Williams, Loren | 0001 | MTC-00000699
Williams, LouElla B. | 0001 | MTC-00009248
Williams, Mark | 0001 | MTC-00010230
Williams, Mark | 0001 | MTC-00014423
Williams, Martin | 0001 | MTC-00003598
Williams, Mary | 0001 | MTC-00012439
Williams, Michael | 0001 | MTC-00032576
Williams, Michael | 0001 | MTC-00019122
Williams, Michael | 0001 | MTC-00022012
Williams, Nicholas | 0001 | MTC-00000477
Williams, Owen | 0002 | MTC-00003597
Williams, Patricia | 0001 | MTC-00022876
Williams, Patrick | 0001 | MTC-00000041
Williams, Paul | 0001 | MTC-00002893
Williams, Penney | 0001 | MTC-00010850
Williams, Randy | 0002 | MTC-00023422
Williams, Randy | 0001 | MTC-00009714
Williams, Richard | 0001 | MTC-00001685
Williams, Robert | 0001 | MTC-00010518
Williams, Robert | 0002 | MTC-00025062
Williams, Ron | 0001 | MTC-00002176
Williams, Ron | 0001 | MTC-00023734
Williams, Ronald | 0001 | MTC-00012484
Williams, Roy E. | 0001 | MTC-00006044
Williams, Ryan | 0002 | MTC-00027132
Williams, Shane | 0002 | MTC-00024525
Williams, Stephen | 0002 | MTC-00023603
Williams, Terry | 0001 | MTC-00026217
Williams, Terry | 0002 | MTC-00028264
Williams, Tom | 0001 | MTC-00000491
Williams, Tyler | 0002 | MTC-00012701
Williams, Tyler E. III | 0001 | MTC-00024212
Williams, Viki | 0001 | MTC-00028898
Williams, Warren | 0001 | MTC-00026820
Williams, Wesley | 0001 | MTC-00028507
Williams, Whitney | 0001 | MTC-00018677
Williams, William | 0001 | MTC-00010633
Williams, William | 0001 | MTC-00002104
Williams, Wynn Gail | 0002 | MTC-00028447
Williamson, A.E. | 0001 | MTC-00010093
Williamson, Andre | 0001 | MTC-00000217
Williamson, Carol | 0001 | MTC-00010072
Williamson, Dan | 0001 | MTC-00003488
Williamson, Denis | 0001 | MTC-00004052
WIlliamson, Jack | 0001 | MTC-00010903
Williamson, Jim | 0001 | MTC-00026212
Williamson, Jim | 0001 | MTC-00025452
Williamson, John | 0001 | MTC-00003971
Williamson, Matt | 0001 | MTC-00004505
Williamson, Micky | 0001 | MTC-00000226
Williamson, Paul | 0001 | MTC-00019227
Williamson, Step | 0001 | MTC-00007075
Williamson, Thomas | 0001 | MTC-00015405
WillieTrez@ aol.como | 0001 | MTC-00025828
Williford, Jane | 0001 | MTC-00033501
Willig, Noreen | 0001 | MTC-00028580
Willingham, Sheron | 0001 | MTC-00011873
Willis, Charmane | 0001 | MTC-00022554
Willis, James E. | 0001 | MTC-00002618
Willis, Jeff | 0001 | MTC-00015440
Willis, Mark | 0001 | MTC-00014555
Willis, Mark S. | 0001 | MTC-00001306
Willis, Nathan | 0001 | MTC-00016331
Willis, Sandra | 0001 | MTC-00011908
Willison, Grant | 0001 | MTC-00018915
Willisson, Paic | 0001 | MTC-00015920
Williston, Don | 0001 | MTC-00000006
Willner, David | 0001 | MTC-00005445
willo@ pillars.net | 0001 | MTC-00028116
Willoughby, Lee | 0001 | MTC-00016926
Wills, Frank | 0001 | MTC-00006506
Wills, Josh | 0002 | MTC-00015510
Wills, Matt | 0001 | MTC-00001983
Wills, Richard | 0002 | MTC-00010681
Wills, Robert | 0001 | MTC-00018583
Wills, Roger | 0001 | MTC-00022880
Wills, Thomas | 0001 | MTC-00010014
Willson, Dan | 0002 | MTC-00016970
Willson, David J. | 0001 | MTC-00007553
Willson, Dean | 0002 | MTC-00033318
Willson, WEndy | 0001 | MTC-00024935
Wilmarth, Jeremy | 0001 | MTC-00009787
Wilmot, Dick | 0001 | MTC-0013484
Wilmouth, Mary | 0001 | MTC-00024107
Wilner, Richard | 0001 | MTC-00004645
Wilner, Richard A. | 0001 | MTC-00001831
Wilson | 0001 | MTC-00007767
Wilson, Allan | 0001 | MTC-00007086
Wilson, Barry | 0001 | MTC-00024322
Wilson, Ben | 0001 | MTC-00017529
Wilson, Ben | 0001 | MTC-00017505
Wilson, Bill | 0001 | MTC-00001643
Wilson, Brian | 0001 | MTC-00021946
Wilson, Bryan | 0001 | MTC-00000513
Wilson, Colin | 0001 | MTC-00016912
Wilson, Daren Scott | 0001 | MTC-00009136
Wilson, Dennis | 0002 | MTC-00027417
Wilson, Dick | 0001 | MTC-00032669
Wilson, Donald | 0002 | MTC-00003581
Wilson, Drake | 0001 | MTC-00019350
Wilson, Eric | 0001 | MTC-00016744
Wilson, Gerald | 0002 | MTC-00020477
Wilson, Glenda | 0001 | MTC-00013234
Wilson, Harry | 0001 | MTC-00017077
Wilson, Ian | 0002 | MTC-00004848
Wilson, Irmgard | 0002 | MTC-00024031
Wilson, Jack | 0001 | MTC-00026968
Wilson, James | 0001 | MTC-00014118
Wilson, Jeff | 0001 | MTC-00019081
Wilson, Jerry L. | 0001 | MTC-00027115
Wilson, Jim | 0001 | MTC-00012918
Wilson, Jimmy | 0001 | MTC-00000396
Wilson, John | 0001 | MTC-00032750
Wilson, John | 0001 | MTC-00001514
Wilson, John | 0001 | MTC-00028971
Wilson, John G. | 0001 | MTC-00019127
Wilson, Joy | 0001 | MTC-00012253
Wilson, Justin | 0002 | MTC-00018105
Wilson, Karin | 0001 | MTC-00032838
Wilson, Laverne | 0001 | MTC-00012076
Wilson, Leon A. | 0001 | MTC-00028428
Wilson, Louise | 0001 | MTC-00023671
Wilson, Mack | 0002 | MTC-00014615
Wilson, Mark | 0001 | MTC-00015075
Wilson, Mark | 0001 | MTC-00001661
Wilson, Mary | 0001 | MTC-00022434
Wilson, Michael | 0001 | MTC-00025477
Wilson, Mike | 0001 | MTC-00018257
Wilson, Nathan | 0001 | MTC-00017365
Wilson, Nona L. | 0001 | MTC-00030047
Wilson, O.W. | 0001 | MTC-00026643
Wilson, Pat | 0001 | MTC-00013085
Wilson, Peter | 0001 | MTC-00020498
Wilson, Ray | 0001 | MTC-00000494
Wilson, Rep. Connie | 0001 | MTC-00031955
Wilson, Rex | 0001 | MTC-00012271
Wilson, Roseanne | 0001 | MTC-00006661
Wilson, Rufus John | 0001 | MTC-00010211
Wilson, S. A. | 0001 | MTC-00015618
Wilson, Scott | 0001 | MTC-00019265
Wilson, Scott | 0001 | MTC-00007039
Wilson, Seamus J. | 0001 | MTC-00010214
Wilson, Stephen | 0001 | MTC-00017798
Wilson, Susan | 0002 | MTC-00032931
Wilson, Ted S. | 0001 | MTC-00015417
Wilson, Tom | 0001 | MTC-00000249
Wilson, V. | 0001 | MTC-00000988
Wilson, Veta | 0001 | MTC-00021070
Wilson, Veta | 0001 | MTC-00011697
Wilson, Walt | 0001 | MTC-00026034
Wilson, Walter I. | 0001 | MTC-00000467
Wilson, Wendy | 0001 | MTC-00007196
Wilson-Boggs, Marci | 0001 | MTC-00018999
Wilstrom, Jeff and Sharon | 0001 | MTC-00020708
Wilt, Barbara | 0001 | MTC-00032634
Wilt, Ralph | 0001 | MTC-00013514
Wiltgen, Charles | 0001 | MTC-00017125
Wiltonwood@ aol.com | 0001 | MTC-00006016
Wilzbach, Paul | 0001 | MTC-00022034
Wimberly | 0002 | MTC-00030433
Wimberly, Winnette | 0001 | MTC-00020984
Wimble, Jeff | 0001 | MTC-00012841
Wimsatt, Bill | 0002 | MTC-00002967
win.cartiss@ chrsolutions.com | 0001 | MTC-00021406
Winarsky, David | 0002 | MTC-00013018
Winarsky, David | 0001 | MTC-00008581
Winbery, Chris | 0001 | MTC-00016222
Winch, Sam | 0001 | MTC-00003989
Winchell, David G. | 0001 | MTC-00010177
Windes, Edwin | 0001 | MTC-00016415
Windham, Steve | 0001 | MTC-00007588
Windham, Trace | 0001 | MTC-00005046
Windle, Bob | 0001 | MTC-00013510
Windom, Bob and Rita | 0001 | MTC-00007696
Windrum, Bart | 0001 | MTC-00013365
Wine, James | 0001 | MTC-00010562
Winecoff, Michael | 0001 | MTC-00016959
Wines, Samuel | 0001 | MTC-00007690
Wineteer, E. Jane | 0001 | MTC-00024022
Wing, James K. | 0001 | MTC-00018960
Wing, Shawn | 0001 | MTC-00026651
Winger, Maurean | 0001 | MTC-00022907
wingswren@ yahoo.com | 0001 | MTC-00028087
Winick, Dorothy | 0001 | MTC-00006835
Winick, Dorothy | 0001 | MTC-00022260
Wink, Dennis | 0001 | MTC-00000207
Winkler, David | 0001 | MTC-00004149
Winkler, James | 0002 | MTC-00010495
Winkler, Kyle | 0001 | MTC-00000928
Winkler, Lydia | 0001 | MTC-00025425
Winkler, Richard | 0002 | MTC-00026587
Winkler, Suzanne | 0001 | MTC-00026333
Winkler, Wynn | 0001 | MTC-00019831
Winkless, Daniel | 0001 | MTC-00002610
Winlett, Barry | 0001 | MTC-00015449
Winn, Ray | 0001 | MTC-00011289
Winn, Ross | 0001 | MTC-00022474
Winn, Vicki | 0001 | MTC-00011529
Winne, Chris | 0001 | MTC-00003167
Winner, George H. | 0002 | MTC-00031813
Winright, Wade | 0001 | MTC-00015895
Winski, Mike | 0001 | MTC-00009061
Winski, Mike | 0001 | MTC-00009062
Winslade, Winston | 0001 | MTC-00008675
Winslow, Larry | 0001 | MTC-00002231
Winson, John | 0001 | MTC-00002056
Winston, Chriss | 0001 | MTC-00027679
Winston, Christopher | 0001 | MTC-00024083
Winston, Courtney | 0001 | MTC-00019130
Winston, Gregory | 0001 | MTC-00010234
Winston, Sandy | 0001 | MTC-00021612
Winston, Sasha | 0001 | MTC-00010722
Winter, Barbara | 0002 | MTC-00008115
Winter, Daniel | 0001 | MTC-00028843
Winter, Fred P. | 0001 | MTC-00027363
Winter, Gabriel | 0001 | MTC-00016047
Winter, Mark | 0001 | MTC-00026661
Winter, Phil | 0001 | MTC-00005182
Winterhalter, Robert | 0001 | MTC-00026066
Wintheiser, Rick | 0001 | MTC-00004938
Wintheiser, Rick | 0001 | MTC-00009998
Wintheiser, Rick D. | 0001 | MTC-00001596
Wintte, G. | 0002 | MTC-00004622
Winzig, Thomas | 0002 | MTC-00027906
Wiot, Barbara | 0001 | MTC-00011935
Wipf, Rowen | 0001 | MTC-00020953
Wires, Don | 0001 | MTC-00001033
Wirht, Gus | 0001 | MTC-00019624
Wirht, John R. | 0001 | MTC-00030330
Wirick, Chris | 0001 | MTC-00024366
Wirth, John | 0001 | MTC-00030288
Wirwin5597@ aol.com | 0001 | MTC-00006008
Wise, Colleen | 0002 | MTC-00033005
Wise, Jeremey | 0002 | MTC-00004628
Wise, Michael J. | 0001 | MTC-00002098
Wise, Philip | 0002 | MTC-00018489
Wise, Philip | 0001 | MTC-00031866
Wise, Sally | 0001 | MTC-00012728
Wise, William | 0001 | MTC-00015415
Wiseman, Kurt | 0001 | MTC-00008217
Wiseman, Timothy | 0002 | MTC-00021199
Wisenant, Frank J. | 0001 | MTC-00021544
Wishnefsky, Bob | 0001 | MTC-00001552
Wisler, Norman. E | 0001 | MTC-00009056
Wismar, Andrew | 0001 | MTC-00018506
Wismar, Andrew | 0001 | MTC-00018629
Wisner, Mark | 0001 | MTC-00004773
Wisniewski, David | 0002 | MTC-00001812
Wisniewski, Roberta | 0002 | MTC-00026969
Wisniewski, Wayne | 0001 | MTC-00030318
Wiss, Donna | 0001 | MTC-00013216
wissfire@ juno.com | 0001 | MTC-00026756
Wissing, Keith D. | 0001 | MTC-00016117
Wissman, Russ | 0001 | MTC-00031772
Wissuer, Seth | 0001 | MTC-00022885
Wisz, Thomas | 0001 | MTC-00022112
Witcher, Robert | 0001 | MTC-00017371
Witek, Paul | 0001 | MTC-00024270
Withing, P.T. | 0001 | MTC-00024614
Withington, David | 0001 | MTC-00020682
Withington, P. T. | 0001 | MTC-00001968
Withron, Gary | 0001 | MTC-00003425
Withrow, Gary | 0001 | MTC-00011812
Withrow, Gary L. | 0001 | MTC-00016357
Withrow, Jason | 0002 | MTC-00009220
Withrow, Lynn | 0001 | MTC-00010220
Witmer, Tom | 0001 | MTC-00016726
Witt, Chip | 0001 | MTC-00027826
Witt, David | 0001 | MTC-00024864
Witt, Gerald | 0001 | MTC-00020948
Witte, Tom | 0001 | MTC-00002337
Witte, Tom | 0001 | MTC-00007259
Wittekind, Carl | 0002 | MTC-00032210
Witteman, Bradley | 0002 | MTC-00022177
Wittenberg, Peter and Ursula | 0001 | MTC-00022395
Wittman, Michael | 0002 | MTC-00027015
Wittmeyer, Greg | 0002 | MTC-00019315
Wittorff, Laura | 0001 | MTC-00021533
Wittstruck, Rick | 0002 | MTC-00017477
Witwer, David | 0001 | MTC-00022383
Witwicki, Brian | 0001 | MTC-00013509
Witwicki, Brian | 0001 | MTC-00020717
Wixson, Mahlon and Doreen | 0002 | MTC-00010172
Wizner, Mark | 0001 | MTC-00001169
Wizner, William G. | 0001 | MTC-00010273
wjd423@ aol.com | 0001 | MTC-00013822
wladimir.nedo@ ps.ge.com | 0001 | MTC-00010808
Wlcoppe5955@ aol.com | 0001 | MTC-00010858
wlwjones@ hotmail.com | 0001 | MTC-00024280
wmconveyarch@ msn.com | 0001 | MTC-00028173
wmenzen@ hushmail.com | 0001 | MTC-00015623
Wobster, James | 0001 | MTC-00009936
Wodarczyk, Bill | 0003 | MTC-00026628
Woehrer, Mark | 0001 | MTC-00003612
Woelfel, Jack and Mrs. | 0001 | MTC-00029977
Woelke, Jennifer | 0001 | MTC-00021608
Woelke, Jennifer | 0001 | MTC-00021654
Woesner, William | 0001 | MTC-00003473
Wofford, Ben | 0001 | MTC-00031563
Wofford, Mary | 0001 | MTC-00032830
Wohlers, John | 0001 | MTC-00015369
Wohlfarth, Robert | 0001 | MTC-00027518
Wojcik, Chester J. | 0001 | MTC-00031982
Wojcik, Greg | 0001 | MTC-00027276
Wojcik, Michael | 0001 | MTC-00023005
Wojdacki, Justin | 0002 | MTC-00026206
Wojtowicz, Joseph | 0001 | MTC-00012268
Wojtowicz, Joseph | 0001 | MTC-00029374
Wojtyniak, Tim; Rizzuto, Phil | 0005 | MTC-00004555
Wolbert, Daniel | 0001 | MTC-00006113
Wold, Greg | 0001 | MTC-00016182
Woldt, Larry | 0001 | MTC-00010092
Woldt, Willard | 0001 | MTC-00032114
Wolf, Arthur | 0001 | MTC-00012894
Wolf, Craig | 0001 | MTC-00002727
Wolf, Dolores | 0001 | MTC-00024598
Wolf, Joshua | 0001 | MTC-00023631
Wolf, M. | 0001 | MTC-00016020
Wolf, Marilyn | 0001 | MTC-00026304
Wolf, Marilyn | 0001 | MTC-00026318
Wolf, Nelson P. | 0001 | MTC-00017633
Wolf, Philip C. | 0002 | MTC-00004831
Wolf, Philip C. | 0002 | MTC-00019134
Wolf, Raymond | 0001 | MTC-00008149
Wolf, Rick | 0001 | MTC-00029754
Wolf, Ruthanna | 0001 | MTC-00021177
Wolf, Ruthanna | 0001 | MTC-00007457
Wolf, Ruthanna | 0001 | MTC-00012044
Wolf, Sander | 0001 | MTC-00015941
Wolf, Steve | 0001 | MTC-00032968
Wolf, Tom | 0001 | MTC-00006229
Wolf, Tom | 0001 | MTC-00028796
Wolf1597 | 0001 | MTC-00025863
Wolfe, David K. | 0001 | MTC-00001991
Wolfe, David K. | 0001 | MTC-00001997
Wolfe, Dennis | 0001 | MTC-00005937
Wolfe, Glenn | 0001 | MTC-00013511
Wolfe, Janice | 0001 | MTC-00027248
Wolfe, Jeff | 0001 | MTC-00019147
Wolfe, Jeff | 0001 | MTC-00014126
Wolfe, Ken | 0001 | MTC-00000042
Wolfe, Richard | 0001 | MTC-00012642
Wolfe, Richard | 0002 | MTC-00016426
Wolfe, Robert | 0001 | MTC-00007345
Wolfe, Sean | 0001 | MTC-00004244
Wolfen616@ aol.com | 0001 | MTC-00028086
Wolff, Andrew | 0001 | MTC-00025268
Wolff, Dick | 0001 | MTC-00006711
Wolff, Gregory J. | 0002 | MTC-00017602
Wolff, Joseph J. | 0002 | MTC-00004791
Wolff, Ron | 0001 | MTC-00023389
Wolff, Steven B. | 0001 | MTC-00001656
Wolff, Steven B. | 0001 | MTC-00018375
Wolfgang, Millard | 0001 | MTC-00030255
Wolfgram, Greg | 0002 | MTC-00033605
wolfman@ mwesd.k12.nt.us | 0001 | MTC-00028240
Wolfram, Gary | 0001 | MTC-00024281
Wolfs, Karl | 0001 | MTC-00031734
Wolkow, Michael | 0001 | MTC-00006911
Wollenberg, Michael | 0001 | MTC-00000549
Wollenhaupt, Mary | 0001 | MTC-00010218
Wolpert, Ned | 0002 | MTC-00000060
Wolpert, Patrick J. | 0002 | MTC-00001529
Wolpert, Robert | 0001 | MTC-00013873
Wolske, Chris | 0002 | MTC-00033351
Wolske, Christopher | 0002 | MTC-00023839
Wolters, Martin | 0001 | MTC-00020187
Wolverton, Tony | 0002 | MTC-00022418
Womack, Brenda | 0001 | MTC-00023404
Womakc, Robert | 0001 | MTC-00020194
Womble, Robert | 0001 | MTC-00000480
Won, Brian J | 0001 | MTC-00023971
Wonderlin, Gene | 0001 | MTC-00023502
Wondess, Charlotte | 0002 | MTC-00032426
Wong, Allen | 0001 | MTC-00002546
Wong, David | 0001 | MTC-00007309
Wong, Derek | 0001 | MTC-00003757
Wong, Jason | 0001 | MTC-00006589
Wong, Kathi | 0001 | MTC-00001929
Wong, MunHon | 0001 | MTC-00020335
Wong, Rick | 0001 | MTC-00026146
Wong, Robert | 0001 | MTC-00004810
Wong, Thomas | 0001 | MTC-00001647
Wong, Tom | 0001 | MTC-00023948
Wong, Tom | 0001 | MTC-00033411
Wong, Tony | 0001 | MTC-00022740
Wong-Godfrey, Decker F | 0002 | MTC-00027911
Woo, Roseanne | 0001 | MTC-00011513
Wood, Adurey | 0001 | MTC-00028255
Wood, Andy | 0001 | MTC-00012524
Wood, Bert | 0001 | MTC-00009580
Wood, Bonnie | 0002 | MTC-00028310
Wood, Bonnie | 0001 | MTC-00029950
Wood, Bonnie F. | 0001 | MTC-00026997
Wood, Brian | 0002 | MTC-00026502
Wood, Brian | 0001 | MTC-00018202
Wood, Carlo | 0001 | MTC-00003535
Wood, Cecily | 0001 | MTC-00011149
Wood, Cecily | 0001 | MTC-00008033
Wood, Charles | 0001 | MTC-00018910
Wood, Charles | 0001 | MTC-00009542
Wood, Chris | 0001 | MTC-00010541
Wood, Chris | 0001 | MTC-00011557
Wood, Chuck and Betty | 0001 | MTC-00013014
Wood, Curtis | 0001 | MTC-00016265
Wood, Dan | 0001 | MTC-00017093
Wood, David | 0001 | MTC-00000475
Wood, David | 0004 | MTC-00017612
Wood, Eric | 0001 | MTC-00001625
Wood, Eric | 0002 | MTC-00003332
Wood, Ernest | 0001 | MTC-00014679
Wood, James | 0001 | MTC-00022049
Wood, James | 0001 | MTC-00025563
Wood, James A. Jr. | 0002 | MTC-00021750
Wood, Jason | 0001 | MTC-00027314
Wood, Joanna | 0001 | MTC-00029757
Wood, Joe R. | 0001 | MTC-00022633
Wood, Joe R. Jr. | 0001 | MTC-00028949
Wood, Joseph | 0001 | MTC-00000081
Wood, Kathy | 0001 | MTC-00002945
Wood, Linda | 0001 | MTC-00005300
Wood, Manni | 0001 | MTC-00012606
Wood, Randall | 0001 | MTC-00004888
Wood, Robert | 0003 | MTC-00030286
Wood, Robert E. | 0003 | MTC-00024566
Wood, Russ | 0001 | MTC-00009039
Wood, Sharon | 0001 | MTC-00029232
Wood, Sharon | 0001 | MTC-00007794
Wood, Sharon | 0001 | MTC-00012386
Wood, Ted | 0001 | MTC-00015931
Wood, Thomas | 0001 | MTC-00005011
Wood, Timothy J. | 0001 | MTC-00017225
Wood, Walter | 0001 | MTC-00017948
Wood, Wayne | 0001 | MTC-00012544
Wood, Will | 0002 | MTC-00000511
Woodall, Kermit | 0001 | MTC-00015063
Woodard, Aaron | 0001 | MTC-00017784
Woodard, Barry | 0001 | MTC-00005801
Woodard, Chris | 0001 | MTC-00018722
Woodard, Howard | 0001 | MTC-00023590
Woodberry, W. Potter | 0001 | MTC-00011955
Woodbury, C. Jeffery | 0001 | MTC-00013190
Woodbury, William | 0001 | MTC-00030581
Woodcook, Jay | 0001 | MTC-00020816
Woodford, Hackley E. | 0001 | MTC-00011638
Woodmarsee, Ken | 0001 | MTC-00010452
Woodraska, Robert J. | 0001 | MTC-00014971
Woodress, Polly | 0001 | MTC-00019505
Woodress, Polly A. | 0002 | MTC-00013081
Woodroof, Scot | 0001 | MTC-00010119
Woodrow, Shirley | 0001 | MTC-00031056
Woodruff, Bryan A. and Lisa | 0001 | MTC-00010059
Woodruff, Herb | 0001 | MTC-00023206
Woodruff, Howard | 0001 | MTC-00006062
Woods, Christopher | 0001 | MTC-00032864
Woods, Elizabeth | 0001 | MTC-00027635
Woods, Jim | 0002 | MTC-00029412
Woods, John | 0001 | MTC-00029875
Woods, Lenny | 0001 | MTC-00005490
Woods, Linda | 0001 | MTC-00032720
Woods, Mark | 0001 | MTC-00023453
Woods, Mike | 0001 | MTC-00004904
Woods, Paul R. | 0001 | MTC-00020001
Woods, Penny | 0002 | MTC-00005636
Woods, Penny | 0001 | MTC-00013036
Woods, Perry K | 0001 | MTC-00030381
Woods, Peter | 0001 | MTC-00010219
Woods, Scott | 0001 | MTC-00002937
Woods, Sean | 0001 | MTC-00020781
Woodward, Bill | 0001 | MTC-00022844
Woodward, Carma | 0001 | MTC-00009427
Woodward, Chris | 0001 | MTC-00004897
Woodward, James | 0001 | MTC-00029855
Woodward, Jason | 0001 | MTC-00003734
Woodward, Kathy W. | 0001 | MTC-00009474
Woodworth, Matthew | 0001 | MTC-00017110
Woodworth, Quinn | 0001 | MTC-00008185
Woody, Darven | 0001 | MTC-00022785
Woody, Nathaniel | 0001 | MTC-00015114
Woody, Robert | 0002 | MTC-00033054
Woog, Lionel | 0001 | MTC-00020847
Woolbright, T. Blake | 0001 | MTC-00016591
Woolever, Bill | 0001 | MTC-00021175
Woolever, Jason | 0001 | MTC-00018099
Woolf, Kenneth H. | 0002 | MTC-00022682
Woolf, Sandy | 0001 | MTC-00007246
Woolfolk, Clifford | 0003 | MTC-00027055
woolfolk@ outerbounds.net | 0001 | MTC-00017249
Woollard, James | 0001 | MTC-00018349
Woolley, John | 0001 | MTC-00027782
Woolsey, David | 0002 | MTC-00027383
Woolverton, Stephen | 0001 | MTC-00002686
Woolverton, Stveven | 0001 | MTC-00005257
Wooster, Steve | 0001 | MTC-00022187
Worcester, Andrew | 0001 | MTC-00018575
Worden, Charlotte | 0002 | MTC-00032599
Worden, Charlotte | 0002 | MTC-00032884
Worden, Howard and Kathryn | 0001 | MTC-00000594
Worden, William | 0001 | MTC-00026242
Worder, Howard and Kay | 0001 | MTC-00011900
Work, Steven | 0001 | MTC-00021617
Workman, David | 0001 | MTC-00006384
works@ itgs.presearch.com | 0001 | MTC-00019634
Worley, Birl W. | 0001 | MTC-00015892
Worley, Chris | 0002 | MTC-00005907
Worley, Chris | 0002 | MTC-00015495
Worley, Chris | 0001 | MTC-00033147
Worley, Scott | 0002 | MTC-00003625
Worman, Timothy | 0002 | MTC-00001714
Wormon, Timothy | 0002 | MTC-00001696
Wormser, E. | 0001 | MTC-00012755
Worrall, S.J. | 0001 | MTC-00033492
Worrell, Jr | 0002 | MTC-00004857
Worrell, Tommy | 0001 | MTC-00025660
Worsham, Jim | 0001 | MTC-00008522
Worsham, Margaret C. | 0001 | MTC-00033540
Worster, James | 0001 | MTC-00002626
Worth, Eugene R. | 0001 | MTC-00002796
Worth, Jeffrey | 0001 | MTC-00019361
Worth, Ryan and Koppe, Brian | 0002 | MTC-00019781
Wortham, Carlton | 0001 | MTC-00020588
Worthel, Bruce W. | 0001 | MTC-00006283
Worthington, Jim | 0001 | MTC-00027788
Worthy, Kenneth | 0003 | MTC-00004724
Woudenberg, Eoko | 0002 | MTC-00029531
Woynaranski, Jan | 0002 | MTC-00025279
WP/MH | 0001 | MTC-00011671
Wpnelson@ aol.com | 0001 | MTC-00004471
Wragg, Steven | 0001 | MTC-00018369
Wralston29 | 0001 | MTC-00003624
Wrancher, Elizabeth | 0001 | MTC-00013206
Wray, Carol | 0001 | MTC-00029327
Wray, Don | 0001 | MTC-00011677
Wray, Donald | 0001 | MTC-00008672
Wray, Gene | 0001 | MTC-00000353
Wray, Rich | 0002 | MTC-00006763
Wray, Richard | 0001 | MTC-00009845
Wrcoal | 0001 | MTC-00028252
Wren, Rodney M. | 0001 | MTC-00007463
Wren, Tony | 0003 | MTC-00013802
Wren, Tony | 0001 | MTC-00001519
Wrenn, Zorina | 0001 | MTC-00031185
Wright, A. J. | 0001 | MTC-00003818
Wright, Adelyn | 0001 | MTC-00022041
Wright, Andrew | 0001 | MTC-00018712
Wright, Bill | 0001 | MTC-00014020
Wright, Brandon | 0002 | MTC-00029052
Wright, Brian | 0001 | MTC-00033705
Wright, Byron | 0001 | MTC-00029908
Wright, Charles | 0001 | MTC-00026826
Wright, Chuck | 0001 | MTC-00021487
Wright, Craig W. | 0001 | MTC-00003277
Wright, Dan | 0003 | MTC-00019274
Wright, Daniel | 0001 | MTC-00015159
Wright, Elijah | 0001 | MTC-00016248
Wright, Frank A. | 0002 | MTC-00031226
Wright, Gary | 0001 | MTC-00025886
Wright, James R. Sr. | 0001 | MTC-00007869
Wright, Jeff | 0001 | MTC-00024902
Wright, Jeff | 0001 | MTC-00031059
Wright, Jim A. | 0001 | MTC-00028132
Wright, Joe | 0003 | MTC-00017108
Wright, John | 0001 | MTC-00000099
Wright, John | 0001 | MTC-00012843
Wright, Jonathan | 0001 | MTC-00010080
Wright, Kirg | 0001 | MTC-00025584
Wright, Kodi | 0001 | MTC-00024727
Wright, Larry | 0001 | MTC-00000118
Wright, Lori | 0002 | MTC-00032212
Wright, Matt | 0001 | MTC-00018042
Wright, Michael | 0001 | MTC-00005089
Wright, Mike | 0001 | MTC-00023754
Wright, Mike | 0001 | MTC-00023802
Wright, Nancy | 0001 | MTC-00025583
Wright, Randall | 0001 | MTC-00031225
Wright, Randall | 0001 | MTC-00006436
Wright, Randall K. | 0001 | MTC-00006713
Wright, Robert | 0001 | MTC-00013071
Wright, Robert | 0001 | MTC-00001731
Wright, Robert | 0001 | MTC-00004433
Wright, Robert | 0001 | MTC-00021138
Wright, Robert C. and Susan V | 0001 | MTC-00012006
Wright, Russ | 0001 | MTC-00005003
Wright, Sandra | 0001 | MTC-00025343
Wright, Steve | 0001 | MTC-00014790
Wright, Steve | 0001 | MTC-00015479
Wright, Ted and Patricia | 0001 | MTC-00018684
Wright, Thomas P. | 0001 | MTC-00033812
Wright, Tim | 0002 | MTC-00003584
Wright, Tim | 0001 | MTC-00013639
Wright, Tom | 0001 | MTC-00020637
Wright, Tom | 0001 | MTC-00033795
Wright, Tony | 0001 | MTC-00023602
Wright, Van T. | 0001 | MTC-00003062
Wright, William | 0001 | MTC-00011858
Wright—1997@ yahoo.com | 0001 | MTC-00011765
wrljr2@ earthlink.com | 0001 | MTC-00017218
Wronkiewicz, Ken | 0001 | MTC-00029437
Wronkiewicz, Thaddeus | 0001 | MTC-00025670
WRSousa | 0001 | MTC-00025895
wserr@ hotmail.com | 0001 | MTC-00010937
Wslew1924@ aol.com | 0001 | MTC-00007048
wsmartshot@ aol.com | 0001 | MTC-00014550
wsnipes72@ hotmail.com | 0001 | MTC-00013840
wt.catch1 | 0001 | MTC-00021815
wt.catch1 | 0001 | MTC-00022108
wt.catch1 | 0001 | MTC-00020599
wtmizvto | 0001 | MTC-00028124
Wu, Bill | 0001 | MTC-00022533
Wu, David | 0001 | MTC-00005406
Wuelper, Kurt | 0001 | MTC-00032616
Wuertele, David | 0002 | MTC-00004469
Wulftange, Butch | 0001 | MTC-00007538
Wunn, Adam | 0001 | MTC-00027865
Wunschel, Alan | 0001 | MTC-00028877
Wurzbacher, Keith | 0001 | MTC-00004319
Wurzel, Josh | 0002 | MTC-00004396
Wushinskie, Robert | 0001 | MTC-00031014
Wusinich, John | 0001 | MTC-00022967
Wustenhoff, Edward | 0001 | MTC-00000313
Wuthrich, Paul | 0001 | MTC-00005878
Wuts, Peter G. | 0001 | MTC-00005659
wwpearl@ aol.com | 0001 | MTC-00028779
www.aneycourt@ aol.com | 0001 | MTC-00015973
www.Fur1252@ aol.com | 0001 | MTC-00011301
www.hoajr@ aol.com | 0001 | MTC-00014514
Wyatt, Bob | 0001 | MTC-00002839
Wyatt, Charles | 0001 | MTC-00023353
Wyatt, Dick | 0001 | MTC-00010607
Wyatt, James | 0001 | MTC-00029033
Wyatt, Patrick | 0001 | MTC-00021589
Wyatt, R. Herschel | 0001 | MTC-00032755
Wyatt, Stuart | 0001 | MTC-00026699
Wydock, Lawrence R. | 0001 | MTC-00026044
Wydock, Lawrence R. | 0001 | MTC-00006691
Wyhowanec, Betty | 0001 | MTC-00012262
Wylupski, Wayne | 0001 | MTC-00015178
Wyman, David S. | 0001 | MTC-00030747
Wyman, Stephen | 0002 | MTC-00006877
Wymore, Frank | 0001 | MTC-00023038
Wynette Richard | 0001 | MTC-00019707
Wynlsk@ aol.com | 0001 | MTC-00008871
Wynn Jr., Sam | 0001 | MTC-00019569
Wynn, Bruce | 0001 | MTC-00028485
Wynn, Bruce | 0001 | MTC-00031157
Wynn, Harry | 0001 | MTC-00023132
Wynn, Joyce | 0001 | MTC-00031140
Wyskiel, Matt | 0001 | MTC-00006049
Wyss, Denny | 0001 | MTC-00002593
X, Bruce | 0001 | MTC-00031427
xero@ dns1provide.net | 0001 | MTC-00017052
Xesdeeni, Xesdeeni | 0004 | MTC-00022769
Xi, Haifeng | 0001 | MTC-00000980
Xi, Haifeng | 0001 | MTC-00032266
Xiong, Jason | 0001 | MTC-00000352
XLCH883@ aol.com | 0001 | MTC-00023668
Xu, Frank | 0001 | MTC-00004782
Xu, Kang | 0002 | MTC-00025767
Xu, Lei | 0001 | MTC-00000173
XXLT Investor | 0001 | MTC-00001376
Yablonsky, George | 0002 | MTC-00033197
Yackle, Tim | 0001 | MTC-00001706
Yadegar, Pouya | 0001 | MTC-00010297
Yager, Kevin | 0001 | MTC-00015573
Yager, Virginia | 0001 | MTC-00025602
Yahr, Janice | 0001 | MTC-00033718
Yajima, Satoshi | 0002 | MTC-00027669
Yaker, Charles | 0001 | MTC-00002657
Yakim, Joanne | 0002 | MTC-00013322
Yakin, Lori | 0002 | MTC-00031988
Yamada, Norman | 0003 | MTC-00015873
Yamamoto, Harry | 0001 | MTC-00028906
Yampolsky, Rob | 0003 | MTC-00003607
Yanes, Deirdre | 0001 | MTC-00000625
Yanez | 0001 | MTC-00015910
Yang, Bo | 0001 | MTC-00003653
Yang, Dragon | 0001 | MTC-00003155
Yang, Jason | 0001 | MTC-00026485
Yang, Michael | 0001 | MTC-00024037
Yankanich, Nicholas | 0002 | MTC-00033598
Yanke, John Sr. | 0001 | MTC-00024520
Yanke, Maureen | 0001 | MTC-00024532
Yankin, Loland | 0001 | MTC-00029399
Yann, Richard | 0002 | MTC-00001961
Yannello, Russell C. | 0001 | MTC-00006954
Yanovich, Jody | 0001 | MTC-00009008
Yanovich, Zevy | 0001 | MTC-00008595
Yanya, Adi Ben | 0001 | MTC-00010676
Yao, David | 0001 | MTC-00027425
Yarborough, Donna | 0001 | MTC-00009098
Yarbrough, Joe | 0001 | MTC-00014231
Yarbrough, Joe | 0001 | MTC-00014635
Yarbrough, Shawn | 0001 | MTC-00016596
Yarden, Jon | 0001 | MTC-00017833
Yarger, Ned | 0001 | MTC-00001876
Yarnell, Dominique | 0001 | MTC-00014621
Yarnell, Harold | 0001 | MTC-00031919
Yarrington, Floyd | 0001 | MTC-00012680
Yatchak, John | 0001 | MTC-00019433
Yate, Bo | 0001 | MTC-00008824
Yates, Andy | 0002 | MTC-00022719
Yates, Fred | 0001 | MTC-00006875
Yates, Jeff | 0001 | MTC-00009517
Yates, Joseph | 0001 | MTC-00013256
Yates, Joseph | 0002 | MTC-00032168
Yates, Joseph | 0001 | MTC-00009727
Yates, Paul | 0001 | MTC-00023490
Yates, Rod | 0001 | MTC-00031256
Yates, Ron | 0001 | MTC-00032135
Yates, Scott | 0001 | MTC-00020199
yaun, Jim | 0001 | MTC-00031997
Yaw, Bill and Donna | 0001 | MTC-00012796
Yawn, Gary | 0001 | MTC-00001537
Yeager, Mark | 0002 | MTC-00021155
Yeagley, Linda | 0001 | MTC-00031233
Yeakel, Martha | 0001 | MTC-00023042
Yeargan, Shane | 0001 | MTC-00017814
Yee, Brian | 0001 | MTC-00016347
Yeh, Henry H. | 0002 | MTC-00027095
Yeled@ vulcanised.adc.rmit.edu.av | 0001 | MTC-00019836
Yellman, Peter | 0002 | MTC-00003524
Yelmini, Vince | 0001 | MTC-00008093
Yemm, Stephen W. | 0001 | MTC-00008474
Yen, Bernard | 0001 | MTC-00013164
Yer, Al | 0001 | MTC-00024470
Yerazunis, William | 0002 | MTC-00021756
Yerby, Doug | 0001 | MTC-00025865
Yergan, John | 0001 | MTC-00008912
Yerkes, Bill | 0001 | MTC-00006891
Yerrick, Damien | 0002 | MTC-00017976
yesphonics@ qwest.net | 0001 | MTC-00024299
Yetter, Kenneth | 0001 | MTC-00033018
Yewell, Scott | 0002 | MTC-00017714
Ying, Xingren | 0001 | MTC-00008403
Ying, Xingren | 0001 | MTC-00022114
Yingst, Harry | 0001 | MTC-00002605
Yitzchak, Gale | 0003 | MTC-00003814
Yoakum, Stephen | 0001 | MTC-00027924
Yobs, Ruth | 0001 | MTC-00021201
Yochum, Richard | 0001 | MTC-00006721
Yochum, Richard | 0001 | MTC-00012925
Yochum, Richard | 0001 | MTC-00011527
Yock, Byron | 0001 | MTC-00022254
Yocum, William | 0001 | MTC-00028522
Yocum, William | 0001 | MTC-00028491
Yoder, Kurt | 0001 | MTC-00022201
Yodex, Jay and Traci | 0001 | MTC-00020943
Yodster | 0001 | MTC-00015123
Yohman, Chance | 0002 | MTC-00008404
Yoho, Edward | 0001 | MTC-00021512
Yonaitis, Rob | 0001 | MTC-00005145
Yong, Joe | 0001 | MTC-00000590
Yonker, Tom B. | 0003 | MTC-00028272
Yoo, David | 0001 | MTC-00026761
Yopp, Jan | 0001 | MTC-00031898
Yorgey, Dean | 0001 | MTC-00001588
York, Anthony | 0001 | MTC-00005471
York, Bill | 0002 | MTC-00010283
York, Bryon | 0001 | MTC-00000268
York, Byron | 0001 | MTC-00004712
York, Josh | 0002 | MTC-00004692
York, Lawrence | 0001 | MTC-00009656
York, Melinda | 0001 | MTC-00008194
York, Steven | 0001 | MTC-00022723
York, Timothy | 0001 | MTC-00023374
York, Timothy C. | 0001 | MTC-00029252
Yoshida, Aiichiro | 0001 | MTC-00019001
Yoshihara, Kathy | 0001 | MTC-00030543
Yoshpe, Yonatan | 0002 | MTC-00013461
Yosko, Michael R. | 0001 | MTC-00029798
Yost, Dave | 0001 | MTC-00001476
Yost, John | 0001 | MTC-00004208
Yost, Mike | 0001 | MTC-00016464
You, Chengxia | 0001 | MTC-00011265
You, Xia | 0001 | MTC-00009624
Youmans, Wes | 0001 | MTC-00004010
Younce, Barry | 0001 | MTC-00010754
Young Eugene | 0001 | MTC-00008379
Young, A.T. | 0001 | MTC-00027186
Young, Adam | 0002 | MTC-00017808
Young, Alexander | 0001 | MTC-00006418
Young, Anita | 0001 | MTC-00007262
Young, Arthur | 0001 | MTC-00023520
Young, Arthur | 0001 | MTC-00002164
Young, Bill | 0001 | MTC-00028443
Young, Bill | 0001 | MTC-00031288
Young, Bob | 0002 | MTC-00017829
Young, Brennan | 0001 | MTC-00013291
Young, Chic | 0001 | MTC-00014089
Young, Chris | 0004 | MTC-00014037
Young, Christian | 0002 | MTC-00033460
Young, Danny | 0002 | MTC-00031050
Young, Darren | 0001 | MTC-00015614
Young, David | 0001 | MTC-00026204
Young, David | 0001 | MTC-00028646
Young, David C. | 0001 | MTC-00019969
Young, Derek | 0002 | MTC-00017958
Young, Don | 0001 | MTC-00029148
Young, Gary | 0001 | MTC-00001025
Young, Gary | 0001 | MTC-00013611
Young, Gary | 0001 | MTC-00001666
Young, Gary D. | 0001 | MTC-00017625
Young, Gary L. | 0001 | MTC-00031781
Young, Glenn | 0001 | MTC-00026612
Young, Grant | 0001 | MTC-00028317
Young, Gregory | 0003 | MTC-00001917
Young, Kenneth D. | 0001 | MTC-00006051
Young, Larry | 0003 | MTC-00029301
Young, Mark | 0001 | MTC-00025284
Young, Melvin | 0002 | MTC-00028342
Young, Neal | 0001 | MTC-00017571
Young, Paul | 0002 | MTC-00016057
Young, Paul | 0001 | MTC-00031520
Young, Paul | 0001 | MTC-00023449
Young, Phil | 0001 | MTC-00008120
Young, Reid | 0001 | MTC-00017082
Young, Robert and Linda | 0001 | MTC-00007206
Young, Sally | 0001 | MTC-00012202
Young, Sondra | 0002 | MTC-00028306
Young, Stan | 0001 | MTC-00011569
Young, Steven | 0001 | MTC-00026303
Young, Warner | 0001 | MTC-00018454
Young, William | 0001 | MTC-00029610
Youngblood, Carl | 0001 | MTC-00016404
Youngblood, Matthew | 0001 | MTC-00015264
Youngblood, Neil | 0001 | MTC-00000744
Youngblood, Peggy | 0001 | MTC-00012089
Youngblood, Ross | 0001 | MTC-00016993
Youngdahl, Carl | 0001 | MTC-00026246
Younger, Brendan | 0001 | MTC-00019520
Younger, Jonathan | 0001 | MTC-00016419
Youngman, Anthony | 0001 | MTC-00020333
Youngman, Anthony W. | 0008 | MTC-00010202
Youngman, Samuel | 0002 | MTC-00033640
Youngs, Gregory | 0002 | MTC-00001226
Youngstrom, Mike | 0001 | MTC-00017565
youngww@ hotmail.com | 0001 | MTC-00012738
Younkia, Leland | 0001 | MTC-00029363
Younkin, James | 0001 | MTC-00013834
Younts, Alex | 0001 | MTC-00018702
yourpalgayle@ cs.com | 0001 | MTC-00011140
yourwishes@ izk.com | 0001 | MTC-00017300
Yousefi, Gid | 0001 | MTC-00029978
Youssefyeh, Afshin D. | 0001 | MTC-00012419
Yousuf, Faisal | 0001 | MTC-00003504
Ystueta, William | 0001 | MTC-00008523
Yu, Kiyoshi | 0002 | MTC-00029331
Yu, Marilyn | 0001 | MTC-00028374
Yu, Patrick | 0001 | MTC-00021599
Yuan, Lynn | 0001 | MTC-00003240
Yudin, Julian | 0001 | MTC-00007062
Yukes, Jamie | 0001 | MTC-00017486
Yukilevich, Felix | 0001 | MTC-00030293
Yukilevich, Felix | 0002 | MTC-00030294
Yuma, Russell | 0001 | MTC-00008461
Yuma, Russell | 0001 | MTC-00004376
Yun, T. Charles | 0001 | MTC-00018307
Yunker, John | 0001 | MTC-00010513
Yurcovic, Daniel | 0001 | MTC-00000021
Yurczyk, Roger | 0001 | MTC-00029023
Yurman, Sara | 0002 | MTC-00028695
Yuval, Gideon | 0001 | MTC-00010827
Yuzzolin, John G. | 0001 | MTC-00001548
Z, Nathan | 0001 | MTC-00003438
Zaccaria, Arthur | 0001 | MTC-00031428
Zach, James | 0001 | MTC-00018706
Zach, Terry A. | 0001 | MTC-00012908
Zacharek, Ronald | 0002 | MTC-00033482
Zacharoff, Tom | 0001 | MTC-00019073
Zachary, John | 0001 | MTC-00000431
Zachgo, Dawn M. | 0001 | MTC-00029634
Zachgo, M ark | 0001 | MTC-00029633
Zack, Benjamin | 0001 | MTC-00004113
Zackim, Carole | 0001 | MTC-00009322
Zadar, Mike | 0001 | MTC-00009129
Zadina, Kurt | 0001 | MTC-00026013
Zadzilka, Eugene | 0001 | MTC-00021479
Zaehringer, Ted | 0001 | MTC-00026878
Zago, Jennifer | 0001 | MTC-00030032
Zagzebski, Ken | 0001 | MTC-00003091
Zahn, Frederick | 0001 | MTC-00029184
Zahn, Tony | 0001 | MTC-00015374
Zahner, Geri | 0001 | MTC-00026804
Zahner, Richard | 0001 | MTC-00030805
Zahner, Richard | 0001 | MTC-00030816
Zahnle, Chris | 0002 | MTC-00010953
Zajerko-Mckee, Nick | 0001 | MTC-00017123
Zajonc, August | 0001 | MTC-00016757
Zak | 0001 | MTC-00023998
Zak, Richard | 0001 | MTC-00021893
Zakariya, Shamyl | 0003 | MTC-00005044
Zakson, Alex | 0001 | MTC-00008356
Zakula, Mark | 0001 | MTC-00020876
Zalva, Jason C. | 0001 | MTC-00018337
Zambrano, John | 0001 | MTC-00010947
Zamecnik, Nathan | 0001 | MTC-00026356
Zamrok, Thomas | 0001 | MTC-00012277
Zander, Eric | 0001 | MTC-00016831
Zane, Jeremy | 0001 | MTC-00027539
Zane, Jeremy | 0001 | MTC-00033683
Zanevsky, Andrew | 0002 | MTC-00026717
Zang, Peng | 0001 | MTC-00015965
Zaniolo, Stephan | 0001 | MTC-00016074
Zaphod Beeblebrox | 0001 | MTC-00023142
Zapolski, Karen | 0001 | MTC-00021453
Zappauti, Chris | 0001 | MTC-00015723
Zappavigna, Alex | 0001 | MTC-00024531
Zapple, David | 0002 | MTC-00029188
Zarate, Lucy | 0001 | MTC-00010118
Zaraw, William | 0001 | MTC-00031101
Zardeskas, R. | 0001 | MTC-00003934
Zardetto, Giacamo | 0001 | MTC-00005649
Zardetto, Giacomo | 0001 | MTC-00011645
Zarenin, Alex | 0001 | MTC-00004560
Zart, Nick | 0003 | MTC-00003180
Zaske, Karl | 0001 | MTC-00004755
Zast, Alan | 0001 | MTC-00001135
Zatz, David A. | 0001 | MTC-00009994
Zatz, David A. | 0001 | MTC-00001574
Zaumen, Bill | 0002 | MTC-00027056
Zaveloff, Steven | 0001 | MTC-00004599
Zavialov, Igor | 0001 | MTC-00002550
Zawacki, Jason | 0002 | MTC-00014983
Zawodny, Paul | 0001 | MTC-00014103
Zbikowski, Aaron | 0002 | MTC-00016479
Zbikowski, Andy | 0003 | MTC-00017098
Zdanowicz, Ruth and Jim | 0001 | MTC-00009801
Zechmeir, Lewis | 0001 | MTC-00029538
Zeestraten, Crystal | 0001 | MTC-00004271
Zeevi, Joset | 0001 | MTC-00016935
Zeff, Robert | 0001 | MTC-00002436
Zegarra, Richard | 0001 | MTC-00013161
Zegelien, Jon | 0001 | MTC-00000890
Zehnder, John | 0002 | MTC-00009981
Zehner, Charlie | 0001 | MTC-00023708
Zeigerson, Greg | 0001 | MTC-00007140
Zeigler, Jim | 0001 | MTC-00015766
Zeitler, Betty | 0001 | MTC-00020280
Zeitlin, bill | 0002 | MTC-00033123
Zelade, Richard | 0006 | MTC-00025881
Zelichowski, Darius | 0001 | MTC-00003439
Zelie, Elizabeth | 0001 | MTC-00026091
Zelikoff, Herb | 0001 | MTC-00030395
Zellar, Gerald | 0001 | MTC-00012314
Zellel; Charlene G. | 0001 | MTC-00031480
Zeller, Henry | 0001 | MTC-00001851
Zeller, Verne | 0001 | MTC-00022176
Zellmer, C. | 0001 | MTC-00006768
Zellmer, Matt | 0001 | MTC-00030843
Zemar, Kathryn | 0001 | MTC-00023994
Zemne | 0001 | MTC-00003956
Zemne | 0001 | MTC-00012393
Zender, Charlie | 0001 | MTC-00004243
Zengel, James | 0002 | MTC-00033169
Zengel, Karl | 0002 | MTC-00033143
zenrgy@ netscape.com | 0001 | MTC-00013829
Zepf, Frank | 0001 | MTC-00026907
Zepf, Frank | 0002 | MTC-00028487
Zepp, Ian | 0001 | MTC-00015020
Zerafa, Doug | 0002 | MTC-00017338
Zermich, Wallace | 0001 | MTC-00030978
Zero Sum | 0001 | MTC-00014988
Zeurcher, Elsie | 0001 | MTC-00029680
Zhang, David | 0001 | MTC-00011233
Zhang, Feiyon | 0001 | MTC-00014760
Zhang, Jeff | 0001 | MTC-00025214
Zhang, Jun | 0001 | MTC-00011787
Zhang, Kent | 0001 | MTC-00018894
Zhang, Min | 0001 | MTC-00007554
Zhang, Renhao | 0002 | MTC-00027234
Zhao, Thomas | 0001 | MTC-00024274
Zhenbinx | 0001 | MTC-00020192
Zhou, Gang | 0001 | MTC-00018805
zhou0628 | 0001 | MTC-00028117
Zhov, Shaoyu | 0001 | MTC-00011528
Zhu, Hudson | 0001 | MTC-00030011
Zicht, Joan | 0001 | MTC-00006493
Zickefoose, David | 0001 | MTC-00011360
Zickefoose, David | 0001 | MTC-00020547
Zickefoose, David | 0002 | MTC-00032524
Ziebell, John | 0002 | MTC-00000019
Ziegler, Austin | 0001 | MTC-00016611
Ziegler, Carl | 0001 | MTC-00018541
Ziegler, Frank | 0002 | MTC-00033150
Ziegler, Johannes | 0001 | MTC-00011177
Ziegler, Laura | 0001 | MTC-00013262
Ziegler, Mike | 0001 | MTC-00001329
Ziegler, Sam | 0001 | MTC-00017777
Ziehm, Donald S. | 0001 | MTC-00002664
Zielinski, Brad | 0001 | MTC-00029476
Ziemian, Joe | 0001 | MTC-00006395
Zietz, Stan | 0001 | MTC-00021036
Ziff, Herbert | 0002 | MTC-00033283
Zimmer, Art | 0001 | MTC-00020336
Zimmer, Jim | 0001 | MTC-00007288
Zimmerlink, Angela | 0001 | MTC-00012905
Zimmerman, Andrew | 0002 | MTC-00016492
Zimmerman, Dorothy | 0001 | MTC-00031778
Zimmerman, Edward | 0001 | MTC-00030734
Zimmerman, Franz and Bernadette | 0001 | MTC-00031597
Zimmerman, Jan | 0001 | MTC-00022500
Zimmerman, Jeffrey Neil | 0001 | MTC-00023436
Zimmerman, John | 0001 | MTC-00006143
Zimmerman, Jordan | 0001 | MTC-00014755
Zimmerman, Paul | 0001 | MTC-00023532
Zimmerman, Roger | 0002 | MTC-00026169
Zimmermann, Jay | 0001 | MTC-00018411
Zink, John | 0001 | MTC-00021787
Zinman, Aaron | 0001 | MTC-00027286
Zipfel, Bill | 0001 | MTC-00010829
Zipp, Murray | 0001 | MTC-00003459
Zipper, Neal | 0001 | MTC-00002761
Zipperer, Kathleen | 0001 | MTC-00025517
ZIpperhead Sunshine | 0001 | MTC-00003779
Zippy Pinhead | 0001 | MTC-00001093
Ziriax, John | 0002 | MTC-00002542
Zirkel, Louis D. | 0001 | MTC-00019966
Zischkau, Herbert | 0001 | MTC-00026789
Zitek, Jim | 0001 | MTC-00012211
Zittle, Jay | 0001 | MTC-00029121
Zman@ cZon.net | 0001 | MTC-00028060
Zman@ cZon.net | 0001 | MTC-00028085
Zmlech@ effingham.net | 0001 | MTC-00028208
Znamierowski, Craig | 0001 | MTC-00016566
Zoahowicz, David | 0002 | MTC-00027279
Zoffel, Joan M. | 0001 | MTC-00014063
Zolezzi, Chalise | 0001 | MTC-00031539
Zollars, William | 0001 | MTC-00032373
Zollars, William B. | 0003 | MTC-00030350
Zolli, Andrew | 0001 | MTC-00019776
Zollweg, Denny | 0001 | MTC-00031507
Zoltan, Ness | 0001 | MTC-00017871
Zomzow, Brenda | 0002 | MTC-00030705
Zorzi, Sherry | 0001 | MTC-00029773
Zrubeck, Darren | 0001 | MTC-00012621
Zrubek, Darren | 0001 | MTC-00021552
Zsoldos Jr., Ellis M. | 0001 | MTC-00000205
Zubac, John | 0001 | MTC-00005398
Zubairi, Dan | 0003 | MTC-00016849
Zuber, Otto | 0002 | MTC-00033484
Zuber, W. F. | 0001 | MTC-00006637
Zubin, Dittia | 0003 | MTC-00014856
Zubrzycki, Chris | 0001 | MTC-00003850
Zucker, Sasha | 0001 | MTC-00017395
Zukowski, John | 0001 | MTC-00004444
Zukowski, Tom | 0002 | MTC-00028529
Zulaski, Stan | 0001 | MTC-00016442
Zuschlag, Mary | 0001 | MTC-00012479
Zwierzycki, Walt | 0001 | MTC-00005343
Zygmont, Justin | 0001 | MTC-00000649
Zygmunt, Steve | 0001 | MTC-00023199
Zylanoff, Phillipa | 0001 | MTC-00014085
Zynski, Bud | 0001 | MTC-00009122
Zyphur, Mike | 0002 | MTC-00024478
Zyskowski, Mike | 0001 | MTC-00008199

In addition to the alphabetical list of public comments received by the United States in the matter of United States v. Microsoft Corp., below is a list of these comments organized into six categories. These categories are, comments that: (1) Wholly unrelated to the Revised Proposed Final Judgment or the Microsoft case in general; (2) Do not related to the Revised Proposed Final Judgment, but relate to the Microsoft case; (3) Express an overall view of the Revised Proposed Final Judgment, but offer no analysis; (4) Express an overall view of the Revised Proposed Final Judgment and offer a limited degree of substantive analysis; (5) Express an overall view of the Revised Proposed Final Judgment and offer more substantial analysis, and; (6) Detailed comments provided to to the Court on February 14, 2002. The United States emphasizes that this list is intended only as an aid to the reader in identifying comments that may be of particular interest.

1. Wholly Unrelated to the Revised Proposed Final Judgment or the Microsoft Case in General

Name | Number of pages | Unique number
Abadilla, Julius T. | 0001 | MTC-00011185
Abbott, Lavon | 0002 | MTC-00012527
Abernathy, Miles | 0001 | MTC-00022525
Abramowitz, Elliot | 0001 | MTC-00027239
Abrams, Ken | 0001 | MTC-00004047
Abrams, Robert | 0001 | MTC-00019583
ACalapai@ aol.com | 0001 | MTC-00010794
Ackermans, Alexandre | 0001 | MTC-00009991
Acurio, Hugo | 0001 | MTC-00001954
Adam, Michael | 0001 | MTC-00002829
Adams, Jason | 0001 | MTC-00003102
Adams, Shirley | 0001 | MTC-00013094
Adams, Shirley | 0001 | MTC-00025267
Adelfson, Robert | 0001 | MTC-00026602
afsheenb@ bu.edu | 0001 | MTC-00016754
Agnew, Bob | 0002 | MTC-00009752
Agreda, Victor, Jr. | 0001 | MTC-00013443
Alayon, Marc | 0001 | MTC-00001503
Alex, Alegado | 0001 | MTC-00019702
Alexander, Deborah | 0001 | MTC-00023897
Alexander, Rick | 0001 | MTC-00002698
Allen, John | 0001 | MTC-00026361
Allen, Timothy | 0001 | MTC-00002427
Allison, Dan | 0001 | MTC-00013859
Alto, Sandy | 0001 | MTC-00018606
Alton, Greg | 0001 | MTC-00001473
Alton, Greg | 0001 | MTC-00032087
Ambrose, Tim | 0001 | MTC-00027321
Ammons, Henry | 0001 | MTC-00002661
Anderson, Brad | 0001 | MTC-00024906
Anderson, Brian T. | 0001 | MTC-00001829
Anderson, Cliff | 0001 | MTC-00003313
Anderson, Phillip | 0001 | MTC-00002208
Anderson, Ron | 0001 | MTC-00013348
Andree, Debbie | 0001 | MTC-00005052
Andrei, Florin | 0001 | MTC-00004140
Andrews, Bob | 0001 | MTC-00025565
Andrews, Mark | 0001 | MTC-00009848
ANgelichio, Mike | 0001 | MTC-00019621
Anger, John | 0001 | MTC-00011153
Anjo, Hal | 0001 | MTC-00018341
Archibald, Christopher Scott | 0001 | MTC-00027376
Arellano, Art | 0001 | MTC-00002517
Arnett, Bill | 0001 | MTC-00002742
Arnold, Bill | 0001 | MTC-00021883
Arnold, Zach | 0001 | MTC-00002160
Art-Frame@ mac.com | 0002 | MTC-00003933
Asbury, Len | 0001 | MTC-00004111
Ashberry, James | 0001 | MTC-00008633
Ashton, Scott | 0002 | MTC-00002649
Ashwell, Jonathan | 0001 | MTC-00004454
Atkinson, Annaleah | 0001 | MTC-00013954
Atkinson, Cathy | 0001 | MTC-00008255
Aunger, Mitch | 0001 | MTC-00024549
Austin, Dave | 0001 | MTC-00001762
Austin, Toby | 0001 | MTC-00027023
Avellanet, JEffrey | 0001 | MTC-00001598
B. Jeff | 0001 | MTC-00004975
Backus, Melvin | 0001 | MTC-00015006
Baecker, Margaret | 0001 | MTC-00008558
Baggarley, Richard | 0001 | MTC-00004403
Bailey, Eric | 0002 | MTC-00013426
Baily, Nick | 0001 | MTC-00012924
Bair, Mike | 0001 | MTC-00002648
Baird, Aron | 0001 | MTC-00004029
Baj, Gerald P. | 0001 | MTC-00001559
Baker, Carl | 0001 | MTC-00002828
Baker, Lon | 0001 | MTC-00011104
Baker, Mike | 0001 | MTC-00014026
Bakker, ANdr | 0001 | MTC-00013956
Bakker, Andre | 0001 | MTC-00003204
Baldwin, Mike | 0001 | MTC-00022289
Balian, Rick | 0001 | MTC-00002206
Balts, David | 0002 | MTC-00010497
Banister, Murray | 0001 | MTC-00002365
baranmj | 0001 | MTC-00021370
Barbara | 0001 | MTC-00019664
Barbara | 0001 | MTC-00019685
Barbetti, Susan | 0001 | MTC-00011778
Barisa, Joe | 0001 | MTC-00001822
Barisa, Joe | 0001 | MTC-00001986
Barkerm Matthew | 0001 | MTC-00019268
Barnett, Phil | 0002 | MTC-00020024
Barrett, Johnny | 0001 | MTC-00004817
Barrow, Jim | 0001 | MTC-00013272
Barrows, Christopher | 0002 | MTC-00002476
Bashor, Phillip | 0002 | MTC-00015748
Basso, Daniel R. | 0001 | MTC-00009899
Bateman, Charles A. | 0001 | MTC-00014781
Battle, David | 0001 | MTC-00015082
Bauchspies, Roger | 0002 | MTC-00002308
Bauermeister, Rick | 0001 | MTC-00033723
Bauman, Don | 0001 | MTC-00002307
Bayer, Christian | 0001 | MTC-00004993
Baystings, Ray | 0001 | MTC-00004765
Bechtel, Jason | 0001 | MTC-00003135
Beckcom, James | 0001 | MTC-00002304
Becker, Andrew | 0001 | MTC-00002346
Beckwith, Richard | 0002 | MTC-00002283
Bednarczyk, David | 0001 | MTC-00027179
Bednarz, Bob | 0001 | MTC-00002340
Behr, Bradford | 0001 | MTC-00003859
Bell, Jeff | 0001 | MTC-00002827
Bell, Jeffrey A. | 0001 | MTC-00002565
Bellows, Keith | 0002 | MTC-00002903
Bennett, Retha | 0001 | MTC-00022391
Bennett, Rubia | 0002 | MTC-00002884
Benninghoff, Steve | 0001 | MTC-00023911
Benoit, Kristian | 0001 | MTC-00004016
Berger, John | 0001 | MTC-00010396
Bergh, Craig | 0001 | MTC-00001600
Berve, Tom | 0001 | MTC-00002333
Besedick, Stephen | 0001 | MTC-00002066
Best, Dendra | 0001 | MTC-00014121
Bettin, Linda | 0001 | MTC-00022738
Bevan, Jody | 0001 | MTC-00002053
Bevis, Bill | 0001 | MTC-00016939
BGABRAB@ aol.com | 0001 | MTC-00009421
bgbep6mann@ aep.com@ inetgw | 0004 | MTC-00005389
Bicknell, Scott | 0001 | MTC-00002913
Biggs, Robert | 0001 | MTC-00001872
Biggy Boy Toddy | 0001 | MTC-00009477
Biolabteco@ aol.com | 0001 | MTC-00023857
Birch, Phillip | 0001 | MTC-00003249
BisBee, Donald | 0001 | MTC-00003522
Bishop, David | 0001 | MTC-00001783
Bishop, John | 0001 | MTC-00003484
Bishop-Brown, Pat | 0001 | MTC-00002892
Bisneau, Kevin | 0001 | MTC-00003154
Bjerke, Daryl | 0001 | MTC-00003177
bkunz@ lcsd2.org | 0001 | MTC-00021954
Black, Douglas | 0001 | MTC-00020979
Blackman, Daniel | 0002 | MTC-00003171
Blair, Robert | 0001 | MTC-00003395
Blakley, John C. | 0001 | MTC-00001845
blev@ spiderloom.com | 0001 | MTC-00011428
Blevins, Deward | 0001 | MTC-00022429
Blinder, Dave | 0001 | MTC-00003236
Block, Joe | 0001 | MTC-00021168
Blomberg, David | 0001 | MTC-00011194
Bobs, Nancy | 0002 | MTC-00002845
Boccon-Gibod, Jean-luc | 0001 | MTC-00023981
Bockhorst, Adam | 0001 | MTC-00011042
Boehm, Ron | 0001 | MTC-00002545
Boemmels, Larry | 0001 | MTC-00002619
Bogar, Robert | 0002 | MTC-00002248
Bol, Chris | 0001 | MTC-00004561
Bonn, Tim | 0001 | MTC-00003191
Bonte, Bill | 0001 | MTC-00002505
Borchardt, John | 0001 | MTC-00002555
Boring, Randy | 0001 | MTC-00013784
Borner, Charles | 0001 | MTC-00024613
Bort, Paul | 0001 | MTC-00015448
Bosboom, Thomas | 0001 | MTC-00001868
Boschert, Joseph | 0001 | MTC-00004576
Botton, Or | 0001 | MTC-00025862
Boudreau, Dale E. | 0002 | MTC-00001857
Bourzeix, Stephane | 0002 | MTC-00002562
Bowen Devon | 0001 | MTC-00024556
Bowers, Harry | 0001 | MTC-00004869
Bowman, J.C. | 0002 | MTC-00009198
Boyd, Jason | 0001 | MTC-00002404
Boyer, Jonathan | 0001 | MTC-00005372
Boynton, Benjamin C. | 0001 | MTC-00004302
Boysen, Bob | 0001 | MTC-00008831
Brade, C. R. | 0001 | MTC-00004619
Brandner, Doug | 0001 | MTC-00002285
brandon64—99@ yahoo.com | 0001 | MTC-00021974
Bransky, Alex | 0001 | MTC-00004522
Brantseg, Bruce M. | 0001 | MTC-00001665
Bravy, Steve | 0001 | MTC-00003635
Bray | 0001 | MTC-00000063
Bray | 0001 | MTC-00032242
Breheny, Ian | 0001 | MTC-00022043
Breiderbach, Cecelia | 0001 | MTC-00012005
Breitbart, Doug | 0001 | MTC-00022906
Bremer, Bill | 0002 | MTC-00023721
Brendan | 0001 | MTC-00019479
Brewer, Chris | 0001 | MTC-00021339
Briggs, Lee | 0001 | MTC-00002592
Brinkerhoff, Kris | 0002 | MTC-00010298
Brissette, John | 0001 | MTC-00031257
Brockdorf, Jason | 0001 | MTC-00002473
Brockmeyer, Karl | 0001 | MTC-00002229
Broder, James | 0001 | MTC-00002548
Brooks, E. Glenn | 0001 | MTC-00025621
Brooks, Katherine | 0001 | MTC-00022551
Brown, Carl | 0001 | MTC-00018662
Brown, Dan | 0001 | MTC-00002381
Brown, Fred | 0001 | MTC-00004082
Brown, Nancy | 0001 | MTC-00002508
Brown, Rob | 0001 | MTC-00002706
Brubaker, Alex | 0002 | MTC-00013944
Brunasso, Susan | 0001 | MTC-00012045
Brunk, Betsey King | 0001 | MTC-00024088
Bryam, Mark | 0001 | MTC-00002978
Bryant, Mark | 0001 | MTC-00003476
Bubenicek, Jason | 0001 | MTC-00004687
Budin, Nat | 0001 | MTC-00016203
Burgess, Andrew | 0001 | MTC-00003615
Burns, Steve | 0001 | MTC-00020008
Burr, Chuck | 0001 | MTC-00010289
Burton, Larry | 0001 | MTC-00005050
Burton, Larry D. | 0001 | MTC-00002054
Burwood, Werner | 0001 | MTC-00019489
Butler, Jimm | 0001 | MTC-00011564
Butler, Patsy Henry | 0001 | MTC-00030847
Butto, Don | 0001 | MTC-00003001
Byerly, Greg | 0001 | MTC-00002421
Byers, Tom | 0001 | MTC-00013355
Caceres, Candido | 0001 | MTC-00002951
Caddell, Jeffrey L. | 0001 | MTC-00002471
Calapai, A. | 0002 | MTC-00010536
Calhoun, Jefe | 0001 | MTC-00003363
Call, Brandon | 0001 | MTC-00003187
Callahan, James B. | 0001 | MTC-00029197
Callas, Jon | 0001 | MTC-00002235
Cambra, John | 0001 | MTC-00020988
Campbell, Sally | 0001 | MTC-00024418
Canaday, William | 0002 | MTC-00003743
Cannon, Matthew | 0001 | MTC-00002745
Carey, Tim | 0001 | MTC-00007681
Carman, Doug | 0001 | MTC-00002707
Carrigan, Dan | 0001 | MTC-00003639
Carrigan, Dan | 0001 | MTC-00014942
Carroll, Ben | 0002 | MTC-00001500
Carswell, R. J. | 0001 | MTC-00001749
Carter, Clayton | 0001 | MTC-00027707
Carver, Randy | 0001 | MTC-00002321
Cater, Wayne | 0001 | MTC-00024569
Causey, Cameron | 0001 | MTC-00002258
Cecil, Leonard | 0001 | MTC-00025792
Chacon, Hector A. | 0001 | MTC-00031962
Chain, Christopher | 0001 | MTC-00013631
Chalmers, David | 0001 | MTC-00020362
Chanay, Blaine | 0001 | MTC-00002617
Chen, Andrew | 0001 | MTC-00003944
Cheng, Teh | 0001 | MTC-00018005
Cheshire, Stuart | 0001 | MTC-00002300
Chesne, Jan | 0001 | MTC-00002102
Chin, Jeff | 0001 | MTC-00024697
Christensen, Charles | 0002 | MTC-00020317
Christensen, Steven | 0001 | MTC-00003078
Christman, Gregg | 0001 | MTC-00005219
Chuck, Barb | 0001 | MTC-00008450
Chwick, A. J. | 0001 | MTC-00006260
Cicala, Chris | 0001 | MTC-00001820
Ciolli, Ted | 0001 | MTC-00011258
Cirillo, Joe | 0001 | MTC-00021748
Clark, Edward T. | 0001 | MTC-00033724
Clausson, Mark | 0001 | MTC-00014259
Clayton, Jeffrey | 0001 | MTC-00010196
Clayton, William | 0001 | MTC-00021636
Cochrane, George | 0001 | MTC-00010365
Cockey, Josh | 0001 | MTC-00017631
Coffey, Clyde | 0001 | MTC-00003442
Cohen, Burton | 0001 | MTC-00010208
Coir, Al | 0001 | MTC-00002070
Cole, David L. | 0001 | MTC-00011108
Cole, Louise | 0001 | MTC-00004956
Coles, Howard | 0001 | MTC-00001848
Collard, Debra | 0001 | MTC-00023039
Collins, Ski | 0001 | MTC-00003369
Colome, Marcos | 0001 | MTC-00002952
Combs, Curtis | 0001 | MTC-00004564
Combs, David | 0001 | MTC-00015254
Combs, Doyle | 0001 | MTC-00015252
Combs, Mike | 0001 | MTC-00003058
Conces, Mary | 0001 | MTC-00010609
Conley, Tim | 0001 | MTC-00020071
Constantine, John | 0002 | MTC-00004021
Cook, James | 0001 | MTC-00004274
Cook, Thomas T. | 0001 | MTC-00003875
Cooley, Fran | 0001 | MTC-00004000
Cooney, Chris | 0001 | MTC-00019501
Cooper, Ben | 0001 | MTC-00003556
Corboy, Sharon | 0001 | MTC-00026087
Corman, Bob | 0001 | MTC-00014228
Cornette, Jim A. | 0001 | MTC-00002963
Corni, Dave | 0001 | MTC-00001610
Coro, Leo | 0001 | MTC-00005294
Cororan, David | 0001 | MTC-00019020
Cortese, Robert | 0002 | MTC-00003993
Cothrun, Chris | 0001 | MTC-00019422
Covey, Brian | 0001 | MTC-00003289
Cowart, Rob | 0001 | MTC-00026101
Cox, Timothy | 0001 | MTC-00001506
Cramer, David | 0001 | MTC-00002425
Crandell, Mark | 0001 | MTC-00003665
Crawford, Kyle | 0001 | MTC-00001936
Creitz, Joe | 0001 | MTC-00001941
Cromie, Jim | 0001 | MTC-00017756
Crouch, Cliff | 0002 | MTC-00001775
Crow, Richard | 0001 | MTC-00002870
Crowder, William | 0001 | MTC-00012699
Cruet, John | 0001 | MTC-00002150
Crumpacker, William P. | 0001 | MTC-00013629
Cruz, Ildefonso | 0001 | MTC-00001637
Cruz, Ildefonzo | 0001 | MTC-00001634
csachs@ skuld.innoved.org | 0001 | MTC-00013839
Cuddihy, Scott | 0001 | MTC-00022292
Cummings, Ed | 0001 | MTC-00011248
Cunneen, Greg | 0001 | MTC-00004946
Current, Andy | 0001 | MTC-00002125
Cutler, Joni M. | 0003 | MTC-00030817
Czaja, John | 0001 | MTC-00002482
Czarny, Peter | 0001 | MTC-00002360
D'amico, gerard | 0001 | MTC-00030985
Daccus Productions | 0001 | MTC-00013137
Dahl, James K. | 0001 | MTC-00023762
Dale, Ed | 0005 | MTC-00017475
Dalen, Greg | 0004 | MTC-00002375
Daley, Mary | 0001 | MTC-00010709
Damon, Daniel | 0001 | MTC-00003225
Darr, John | 0001 | MTC-00021354
david@ wt6.usdoj.gov | 0002 | MTC-00002630
Davis, Barbara J. | 0001 | MTC-00005836
Davis, Charles W. | 0001 | MTC-00032239
Davis, Chuck | 0001 | MTC-00000121
Davis, Heath | 0002 | MTC-00013283
Davis, Rick | 0001 | MTC-00002513
Davis, Tom | 0001 | MTC-00015921
Day, William | 0001 | MTC-00019876
dbyrd@ mcomposites.com | 0001 | MTC-00028167
de los Santos, Richard | 0001 | MTC-00020514
De Roos, Dick | 0001 | MTC-00002032
Deceiver | 0001 | MTC-00001990
Deighan, William | 0001 | MTC-00002370
Delano, Mike | 0001 | MTC-00020749
Delgado, Urbano | 0001 | MTC-00026824
Deliduka, Thomas | 0001 | MTC-00002469
DeLisse, Daniel | 0001 | MTC-00002086
DeMorrow, Mary Jo | 0001 | MTC-00002186
Denholtz, Mike | 0001 | MTC-00022308
Deshmukh, Rahul | 0001 | MTC-00003216
DeVries, Denny | 0001 | MTC-00008372
DeYoung, Forest | 0001 | MTC-00003268
Dhillon, Apperjit | 0001 | MTC-00017634
Diamond, Richard | 0002 | MTC-00010837
Diamond, Stan | 0001 | MTC-00001816
Dick, Keith | 0001 | MTC-00013537
Dickerman, Dan | 0001 | MTC-00003516
Dillon, Jamie | 0001 | MTC-00017538
Dion, Bonnie and John | 0001 | MTC-00021189
DJ | 0001 | MTC-00003869
djcj4 | 0001 | MTC-00026962
Dobbs, Dennis | 0001 | MTC-00002343
Dodds, Laura | 0001 | MTC-00012702
Doherty, Joe | 0001 | MTC-00002979
Dohnert, Roberto | 0001 | MTC-00018113
Don | 0001 | MTC-00010371
Donahue, Brandon | 0001 | MTC-00020176
Done, WIlliam | 0001 | MTC-00026923
Doody, Scott | 0001 | MTC-00011075
Dooley, Garland | 0001 | MTC-00002532
Douglass, James | 0001 | MTC-00016886
Doukas, David | 0001 | MTC-00002366
Dowd, Brian | 0001 | MTC-00016476
Dowe, Mike | 0001 | MTC-00002465
Downey, Daniel | 0001 | MTC-00013188
Dreifus, Daniel M. | 0001 | MTC-00001913
Driver, Richard | 0001 | MTC-00003430
Drolet, Patrice | 0001 | MTC-00002097
Drucker, Ivan | 0002 | MTC-00002264
Drummond, James P. | 0001 | MTC-00001597
Dryburgh, Randall | 0002 | MTC-00003706
dsi@ decisionscierces.com | 0001 | MTC-00013832
Dufaukt, Janet Gutkoski | 0001 | MTC-00031970
Dumser, Louis | 0001 | MTC-00002275
Dunn, Eric | 0001 | MTC-00013138
Dunn, Rebecca | 0001 | MTC-00030267
Dupre, Tom | 0001 | MTC-00014479
Dupuis, Dominic | 0001 | MTC-00002461
DuPuy, Matthew | 0001 | MTC-00020318
Duran, Anthony J. | 0001 | MTC-00009084
Durfy, CHristopher | 0001 | MTC-00003837
earlsnidely@ yahoo.com | 0001 | MTC-00014658
Ebert, Michael | 0001 | MTC-00019211
Ebow | 0001 | MTC-00003382
Eckman, Jeffrey | 0001 | MTC-00013896
Ecomond@ xnet.com | 0001 | MTC-00002969
Eddie | 0001 | MTC-00013714
Eddison, Simon | 0001 | MTC-00019596
Eddy, Bob | 0001 | MTC-00026753
Eddy, Bob | 0001 | MTC-00026763
Edington, Mitch | 0001 | MTC-00019537
Educator Concerned | 0001 | MTC-00013475
Egurih, Fern | 0001 | MTC-00026970
Eichhorn, Joanne | 0001 | MTC-00018654
Eisenmann, Elizabeth | 0001 | MTC-00018344
elaird@ austin.re.com | 0001 | MTC-00002449
Elder, Gene | 0001 | MTC-00022559
Elenbass, Rhoda | 0001 | MTC-00011641
Elliott, Lauren | 0002 | MTC-00024134
Ellis, George O. | 0001 | MTC-00020967
Elwin, Michael J. | 0001 | MTC-00011895
Emery, Joel | 0001 | MTC-00003282
Enderle, Melissa | 0001 | MTC-00014230
Englehart, Jeanine | 0001 | MTC-00002728
Epling, David G. | 0001 | MTC-00003670
Erens, Reinier | 0001 | MTC-00002046
Erickson, Dick | 0003 | MTC-00014383
Ernest, Mike | 0001 | MTC-00007336
Ernst, Richard | 0002 | MTC-00018533
Esposito, Ed | 0001 | MTC-00026104
Estes, Ethan | 0001 | MTC-00003748
Ethvignot, Bruno | 0001 | MTC-00003114
Evers, Steven R. | 0001 | MTC-00010687
Ewan, James H. L. | 0001 | MTC-00002162
Ewell, James | 0001 | MTC-00015160
Faibish, David | 0001 | MTC-00002674
Faibish, David | 0001 | MTC-00008694
Fairbank, Adi | 0002 | MTC-00005030
Fajkowski, Alex | 0001 | MTC-00016375
Farr, Aaron | 0001 | MTC-00002602
Farrand, Tom | 0001 | MTC-00002902
Fenrich, Gary | 0001 | MTC-00002487
Fenton, Martin | 0001 | MTC-00022015
Ferber, Rob | 0001 | MTC-00002551
Fessler, Jeff | 0001 | MTC-00002826
Fields, Noah | 0001 | MTC-00002118
Filipiak, Brian | 0001 | MTC-00027799
First Last | 0001 | MTC-00003852
Fisher, Ed | 0001 | MTC-00014284
Fisher, Taru | 0001 | MTC-00002072
Fisk, Edie | 0001 | MTC-00023991
Fitchette, Thomas | 0002 | MTC-00003588
Fitchette, Thomas | 0002 | MTC-00003589
fkokawa@ hmausa.com | 0001 | MTC-00012620
Fletcher, E. | 0001 | MTC-00020014
Flory, David | 0001 | MTC-00002035
Fodor, John | 0001 | MTC-00025420
Foley, JAck | 0003 | MTC-00031255
Fordham, Sharon | 0001 | MTC-00004926
Forgey, Robert | 0002 | MTC-00019579
Forlowe, Wade | 0002 | MTC-00020204
Forrest, Kent | 0001 | MTC-00024605
Forsythe, Michael | 0001 | MTC-00002350
Fortman, Scott | 0001 | MTC-00002462
Fortman, Scott | 0001 | MTC-00003095
Foster, David R. | 0001 | MTC-00018434
Foster, Jeremiah | 0001 | MTC-00003710
Fowble, Marilyn | 0001 | MTC-00011941
Fox, Don | 0001 | MTC-00002531
Fox, Sophie | 0001 | MTC-00012407
Fox, William | 0002 | MTC-00004978
Franck, Deniz | 0001 | MTC-00003855
Fraser, John | 0001 | MTC-00014605
Fred. A. Underwood@ bankofamerica.com | 0001 | MTC-00006043
Freelance | 0001 | MTC-00014220
Freeman, Adam | 0001 | MTC-00026109
Freeman, Carolyn | 0001 | MTC-00027024
Freeman, Tom | 0001 | MTC-00011949
Freund, John | 0001 | MTC-00003355
Frick, George | 0002 | MTC-00003485
Friedman, Bruce L. | 0001 | MTC-00032261
Friedman, Warren | 0001 | MTC-00001930
Frohne, Rob | 0001 | MTC-00013369
Fronefield, Ted | 0001 | MTC-00029078
Fuchs, Les | 0001 | MTC-00002083
Fuchs, Les | 0001 | MTC-00002410
Fuller, Steven | 0001 | MTC-00018043
Fullon, Jeffrey S. | 0001 | MTC-00025892
Funk, Erik N. | 0001 | MTC-00007329
Furby, Andrea | 0001 | MTC-00001863
Fuselier, Michael | 0001 | MTC-00013199
Fusiler, Brent Austin | 0001 | MTC-00013723
Futral, Scott | 0001 | MTC-00011977
Gable, Eliot | 0001 | MTC-00002968
Gable, Gary | 0001 | MTC-00013609
Gabriel | 0001 | MTC-00002412
Gagne, Jeff | 0001 | MTC-00001645
Galckin, Larry | 0001 | MTC-00018811
Galler, Charles | 0001 | MTC-00015885
Galloway, Ted | 0001 | MTC-00023423
Games, Paul | 0001 | MTC-00013708
Gamiel, Kevin | 0001 | MTC-00002036
Gans, Jon | 0001 | MTC-00003178
Garber, Frank | 0001 | MTC-00022724
Garlick, Tom | 0001 | MTC-00002877
Garlick, Tom | 0001 | MTC-00004004
Garrison, Curtis | 0002 | MTC-00004968
Gatley, Dermot | 0001 | MTC-00003984
Gatliff, Robert | 0001 | MTC-00002616
Geels, Dennis | 0001 | MTC-00017785
Geiger, Matthew | 0002 | MTC-00004046
Gelfond, Jensen | 0001 | MTC-00013569
George | 0001 | MTC-00002124
Gerz, Chris | 0001 | MTC-00002157
Gideon, Thomas | 0001 | MTC-00019379
Gigliotti, Jim | 0001 | MTC-00013181
Gilbert, Jay | 0001 | MTC-00002293
Gilbreath, Troy | 0002 | MTC-00001690
Gilmore, John | 0001 | MTC-00027285
Gilson, Thomas | 0001 | MTC-00002457
Ging, Nancy | 0001 | MTC-00022709
Ginter, Brian | 0001 | MTC-00002785
Girdner, Rick | 0001 | MTC-00012140
Gladu, John | 0001 | MTC-00013752
Glasgon, John | 0001 | MTC-00005015
Glow, Ed | 0001 | MTC-00002450
Goddard, Lance | 0001 | MTC-00002335
Godfrey, Eric | 0001 | MTC-00013548
Gold, Gerald N. | 0001 | MTC-00011954
Gondhi, Dhvanika P. | 0001 | MTC-00003006
Goodjohn, Jack | 0001 | MTC-00002344
Goodwin, Derrick | 0001 | MTC-00002218
Goosey, Malcolm H. | 0001 | MTC-00003082
Gordon, Shelley | 0001 | MTC-00010630
Gorski, Paul | 0001 | MTC-00001818
Gracey, Jonathan | 0001 | MTC-00013757
Graffis, Kelly R. | 0001 | MTC-00002411
Graham, Bud | 0001 | MTC-00025077
Graham, David | 0001 | MTC-00011110
Grant, Scott | 0001 | MTC-00010496
Gray, William | 0001 | MTC-00003188
Green, Jeremy | 0001 | MTC-00014812
Green, Rhonda | 0001 | MTC-00029702
Greene, Bob | 0001 | MTC-00003950
Greer, Sandy | 0001 | MTC-00003218
Greg G | 0001 | MTC-00023107
Grenell, Steven L. | 0001 | MTC-00013539
Gresham, Arthur | 0001 | MTC-00003214
Griffith, John M. | 0001 | MTC-00008663
Grimes, Matthew | 0001 | MTC-00003176
Grizzle, Jon | 0003 | MTC-00021796
Groke, Curtis | 0001 | MTC-00003156
Gruber, Aaron | 0001 | MTC-00027468
Gruber, Joshua | 0001 | MTC-00016423
Grude, Nick | 0001 | MTC-00019144
grutters@ hotnet.nl | 0001 | MTC-00003159
Guillame, Joseph W. | 0001 | MTC-00013381
Guillory, Joseph W. | 0001 | MTC-00005221
Gundy, N. Herb | 0001 | MTC-00019603
Haefeli, Joseph | 0001 | MTC-00027915
Hahn, William R. | 0002 | MTC-00022166
Hake, Eric | 0001 | MTC-00003274
Hald, Ulla | 0001 | MTC-00001948
Hall, Bertie | 0001 | MTC-00002019
Hall, Jon | 0003 | MTC-00004973
Hamilton, Andrew J.S. | 0001 | MTC-00002985
Hammerle, Paul | 0001 | MTC-00002294
Hansen, Richard | 0001 | MTC-00023759
Hansen, Woody | 0002 | MTC-00002087
Hanson, Bruce | 0001 | MTC-00004168
Hanson, Garry | 0001 | MTC-00002345
Hanson, Georgia | 0001 | MTC-00033722
Haraldson, Jonas | 0001 | MTC-00001966
Harbour, Sean | 0001 | MTC-00003362
Harding, Ian A. | 0001 | MTC-00004090
Hardy, E. Jonathan | 0001 | MTC-00004234
Hare, John | 0001 | MTC-00002865
Harris, Walt | 0001 | MTC-00002819
Harriss, Richard | 0001 | MTC-00002724
Hartin, Brad | 0001 | MTC-00003368
Hasty, Doyle & Linda | 0001 | MTC-00001601
Hatch, Joshua | 0001 | MTC-00020765
Hattersley, Josh | 0001 | MTC-00002389
Hauer, David | 0002 | MTC-00025632
Hauls, John | 0002 | MTC-00001660
Have, Dave | 0001 | MTC-00025040
Hawk Eye | 0001 | MTC-00010326
Hayes, Brad | 0001 | MTC-00003227
Hayhurst, Richard | 0001 | MTC-00002569
Headley, Brian W. | 0002 | MTC-00009794
Healey, Martin L. | 0001 | MTC-00022168
Heath, Larry | 0001 | MTC-00005218
Heath, Robert | 0001 | MTC-00029415
Hedgepath, Patrick J. | 0001 | MTC-00019301
Hedger, Ray | 0001 | MTC-00025817
Hedges, Andrew | 0001 | MTC-00013459
Hejtmanek, Edward | 0001 | MTC-00027773
Hemmer, Tom | 0001 | MTC-00010126
Hendon, Travis | 0001 | MTC-00021002
Henry, Joseph | 0001 | MTC-00004367
Henry, Joseph | 0001 | MTC-00019556
Hensley, William | 0001 | MTC-00003501
Heraud, Denis | 0001 | MTC-00013132
herbamac@ showcrest.net | 0001 | MTC-00002136
Herman, Tod | 0001 | MTC-00002730
Herrmann, Andrew F. | 0001 | MTC-00001779
Herschbein, Samuel | 0001 | MTC-00019114
Hess, Kristie | 0001 | MTC-00005334
Hess, Russell | 0001 | MTC-00013557
Hever, Greg | 0001 | MTC-00009081
Hielke, Robert | 0001 | MTC-00002490
Higgs, Glenda | 0001 | MTC-00019305
Hill, Dave C. | 0001 | MTC-00001703
Hilseberg, Terry | 0001 | MTC-00002938
Hinchey, Steve | 0002 | MTC-00004967
Hinds, Jim | 0001 | MTC-00002110
Hirst, David | 0002 | MTC-00003586
HJ | 0001 | MTC-00001579
Hoffarth, Nancy | 0001 | MTC-00024966
Hoffman, Scott M. | 0001 | MTC-00001550
Hoffman, Timothy S. | 0002 | MTC-00002672
Hogan, LeRoy | 0001 | MTC-00002855
Hohlweg, Brent | 0001 | MTC-00002394
Holland, Craig | 0001 | MTC-00003739
Holland, Jason | 0001 | MTC-00004086
Holley, Duncan | 0002 | MTC-00004447
Holliker, Lise | 0001 | MTC-00013550
Holmes, Tim | 0001 | MTC-00002033
Holwell, Sren | 0001 | MTC-00003124
Hooper, Ken | 0001 | MTC-00019609
Hopper, Justin | 0001 | MTC-00000117
Hopper, Justin | 0001 | MTC-00032246
Horvatic, John | 0001 | MTC-00010240
hossward@ bright.net | 0001 | MTC-00010924
Howard, Lainie | 0001 | MTC-00026525
Howe, Bud | 0001 | MTC-00011894
Howell, George | 0002 | MTC-00011573
Howell, William | 0001 | MTC-00026931
Howland, Tom | 0001 | MTC-00018809
Hoyme, Jan | 0001 | MTC-00002467
Hubscher, Bill | 0001 | MTC-00024326
Huchting, William | 0001 | MTC-00001803
Huey, George | 0002 | MTC-00021041
Huff, Julian | 0001 | MTC-00033809
Hugan, Nq | 0001 | MTC-00023995
Hughes, Don | 0001 | MTC-00022831
Hughes, Roland | 0001 | MTC-00004380
Hulcher, Stephen | 0001 | MTC-00017851
Hunter, Jeffrey | 0001 | MTC-00002348
Husa84757@ aol. com | 0001 | MTC-00021816
Hutchins, Thomas | 0001 | MTC-00001586
Hutchinson, Brandon | 0001 | MTC-00002809
Hutchison, Connie | 0001 | MTC-00008100
Hutton, Alexander | 0002 | MTC-00004748
Igoe, James | 0001 | MTC-00030744
Imrie, Russell F. | 0001 | MTC-00032307
Imroscoe | 0001 | MTC-00004034
Infield, Marc | 0001 | MTC-00002840
Ingannamorte, Stefan | 0001 | MTC-00008397
Irish, Dennis | 0002 | MTC-00030981
Irvine, David | 0001 | MTC-00001615
Isbell, Art | 0001 | MTC-00001912
Iyad, Abbas | 0001 | MTC-00003208
J P W Consulting | 0001 | MTC-00005112
Jackson, Mike | 0001 | MTC-00013899
Jacques, David | 0001 | MTC-00015520
James | 0001 | MTC-00001947
James, Michael G. | 0001 | MTC-00013709
Jansen, Dan | 0001 | MTC-00022637
Jaroski, Mark | 0001 | MTC-00014944
Jarvis, Steve | 0001 | MTC-00002944
jczalog@ silverdollarcity.com | 0001 | MTC-00011303
Jenks, Melissa | 0001 | MTC-00013636
Jensen, Bob | 0001 | MTC-00014111
Jensen, Joe | 0002 | MTC-00004976
Jensen, Joshua | 0001 | MTC-00016823
Jensen, Ronnie | 0001 | MTC-00001613
Jizba, Zaenck | 0001 | MTC-00003198
jmeaders@ netdoor.com | 0001 | MTC-00001975
jobs(o)impactsolutions.com | 0001 | MTC-00001428
Jocque, Donavan | 0001 | MTC-00027584
Johansson, Lars | 0001 | MTC-00024584
John | 0001 | MTC-00003009
Johnson, Beth E. | 0001 | MTC-00015081
Johnson, Charles | 0001 | MTC-00003998
Johnson, Corey R. | 0001 | MTC-00002288
Johnson, Eric | 0001 | MTC-00004193
Johnson, Francis | 0002 | MTC-00009958
Johnson, Philip | 0001 | MTC-00028285
Johnson, Tim | 0001 | MTC-00022020
Johnson, Tims | 0001 | MTC-00025788
Johnson, Tom | 0001 | MTC-00002317
Johnston, Dave | 0002 | MTC-00003352
Johnston, Howard | 0001 | MTC-00002464
Johnston, John | 0002 | MTC-00019787
Joho | 0001 | MTC-00013630
Joiner, L.E. | 0001 | MTC-00002214
Jones, Fenton | 0001 | MTC-00002662
Jones, Jimmy | 0001 | MTC-00022407
Jones, John G. | 0002 | MTC-00020217
Jones, Mary | 0001 | MTC-00033726
Jordan, Jon | 0001 | MTC-00018817
JT | 0001 | MTC-00002012
Jungemann, Eric | 0001 | MTC-00019369
Kagan, Paul | 0002 | MTC-00002919
Kaiman, Mark | 0001 | MTC-00004953
Kalmadge, James | 0001 | MTC-00003217
Kalogeras, Joanne | 0001 | MTC-00002265
kammtown@ cs.com | 0001 | MTC-00001682
Kane, Mike | 0001 | MTC-00003885
Karafilis, Milton | 0001 | MTC-00010976
Karraker, Wallace | 0002 | MTC-00001786
Katscher, Chris | 0002 | MTC-00002408
Katz, Philip | 0001 | MTC-00013939
Katzman, Joel N. | 0001 | MTC-00002852
Kavanagh, Bob | 0001 | MTC-00019900
Kayen | 0001 | MTC-00002519
Kearns, Terrence | 0001 | MTC-00025911
Keeny, Alex | 0001 | MTC-00013923
Keller, David | 0001 | MTC-00020015
Kelly, David | 0001 | MTC-00014840
Kelly, Kevin | 0001 | MTC-00002423
Kelsch, Richard | 0002 | MTC-00002917
Kennedy, Matthew | 0001 | MTC-00024306
Kennedy, Richard T. | 0001 | MTC-00002230
Kennedy, Richard T. | 0001 | MTC-00002244
Kenney, George | 0001 | MTC-00007898
Keough, Barbara | 0001 | MTC-00003913
Kern, Ken | 0001 | MTC-00003930
Keterer, H.D. | 0001 | MTC-00003562
Keville, Jesse | 0001 | MTC-00002641
Keyes, Thomas | 0001 | MTC-00002463
Kiatchuck, Tom | 0002 | MTC-00004556
Kidd, Don | 0001 | MTC-00003048
Kienzle, Henry | 0001 | MTC-00022517
Kijanka, David | 0001 | MTC-00001608
Killeen, Maureen | 0001 | MTC-00011588
Kimmel, Jim | 0001 | MTC-00002281
King, Hal | 0001 | MTC-00015508
King, Hawkeye | 0001 | MTC-00003039
kjb.ims@ juno.com | 0001 | MTC-00017323
Klai@ curly.bitmotel.com | 0001 | MTC-00002272
Klaus, Mike | 0001 | MTC-00002600
Klein, Christian | 0001 | MTC-00009521
Klein, Karl | 0001 | MTC-00025086
Klein, Patrick | 0001 | MTC-00002491
Kleindorfer, Dennis | 0001 | MTC-00022455
Kloepper, Dan | 0001 | MTC-00003926
Klomps, Han | 0001 | MTC-00001925
Klopfenstein, Joel | 0001 | MTC-00005658
Kluthe, Linda | 0001 | MTC-00026513
kmiller@ goldshield | 0001 | MTC-00014517
Knack, Fredrick H. | 0001 | MTC-00018833
Knoll, John | 0001 | MTC-00022812
Knowles, Gail | 0001 | MTC-00002060
Knox, T. Gregory | 0002 | MTC-00002263
Knudson, Delmar | 0001 | MTC-00012787
Kocher, Christa | 0001 | MTC-00025570
Kofman, Arkady | 0005 | MTC-00002114
Kohn, Russell | 0001 | MTC-00002850
Kolins, Steven | 0001 | MTC-00002073
Kolwicz, Al | 0002 | MTC-00019419
Kool, Johan | 0001 | MTC-00002049
Koranda, William | 0001 | MTC-00012591
Kornack, Tom | 0001 | MTC-00003898
Koury, Al | 0001 | MTC-00009753
Koutzoumis, Clio | 0001 | MTC-00006737
Kovach, George | 0001 | MTC-00023345
Koziol, Dave | 0001 | MTC-00002252
Kramer, Randy | 0002 | MTC-00014384
Kristjansson, Carol | 0001 | MTC-00019871
Krum, Gordon | 0001 | MTC-00002612
Krum, Gordon | 0002 | MTC-00004643
Krutsinger, Kenneth | 0001 | MTC-00003454
Kulago, Tim | 0001 | MTC-00024997
Kupec, Christopher | 0001 | MTC-00002377
Kupfer, Ellen | 0001 | MTC-00008308
kwarrel@ orienthehunter.net | 0001 | MTC-00001629
Laesvuori, Juha-Pekka | 0001 | MTC-00017172
LaGraize, Larry | 0001 | MTC-00020517
Laird, Ken | 0001 | MTC-00018320
Lakin, Tom | 0001 | MTC-00006717
Lalena, Constance | 0001 | MTC-00026350
LaMaster, Lynne | 0001 | MTC-00002099
LaMere, Brian | 0001 | MTC-00016539
Lamm, Jim | 0001 | MTC-00002502
Lamos, Bryan | 0001 | MTC-00026615
Land, Alan | 0001 | MTC-00024542
Landrus, Kurt | 0001 | MTC-00024699
Landrus, Mike | 0001 | MTC-00025919
Langford, Stephen C. | 0001 | MTC-00010180
Lantsberger, Janet | 0001 | MTC-00022322
Lapham, Jon | 0001 | MTC-00014923
Larry | 0001 | MTC-00004937
Larson, Alan W. | 0001 | MTC-00002144
Larson, Glenn | 0001 | MTC-00027355
Larson, Lee | 0001 | MTC-00031188
Laster, Jack | 0001 | MTC-00003019
Lauer, Marcus | 0001 | MTC-00019622
Lauterbach, Stephen | 0001 | MTC-00001765
Lawrence Howards | 0001 | MTC-00019733
Lawrence, Josh | 0001 | MTC-00017470
Lawson, Jim | 0001 | MTC-00003105
Lazzaro, Joseph | 0001 | MTC-00018907
Leaney, Martin | 0001 | MTC-00001587
Lease, Christopher | 0001 | MTC-00020431
Leazenby, David | 0001 | MTC-00002339
Leazenby, David | 0001 | MTC-00002341
Leduc, J.F. | 0001 | MTC-00027419
Lee, Andrew G. | 0001 | MTC-00001835
Lee, Ann | 0002 | MTC-00024628
Lee, Evan | 0001 | MTC-00009982
Lee, Manh | 0001 | MTC-00003426
Lee, Sean | 0003 | MTC-00025787
Lee, Steve | 0001 | MTC-00014144
Lehnhard, George | 0001 | MTC-00021869
Leinwand, Jonathan | 0001 | MTC-00024612
Lemon, Michael | 0001 | MTC-00026124
Lenick, Darren | 0001 | MTC-00002781
Lenzer, George H. | 0001 | MTC-00003911
leonard@ raintreenursery.com | 0001 | MTC-00017304
Letelier, Denis | 0001 | MTC-00002621
LeVitus, Bob | 0001 | MTC-00008233
Levy, Donald | 0001 | MTC-00032910
Lewis, Charles | 0001 | MTC-00016639
Lewis, Craig | 0001 | MTC-00003145
Lewis, Keith J. | 0001 | MTC-00012563
Lewis, Samuel | 0001 | MTC-00022783
Lewis, Steven | 0001 | MTC-00004751
Lewis, William | 0001 | MTC-00003262
Lichten, Jack | 0001 | MTC-00027080
Liebbe, Michael W. | 0001 | MTC-00014219
Lien, George | 0001 | MTC-00011019
Liles, Arthur | 0002 | MTC-00021633
Lilker, Lorraine | 0001 | MTC-00002466
Lilla, James A. | 0001 | MTC-00002639
Lilly, John | 0001 | MTC-00001838
Lilly, John | 0001 | MTC-00004646
Limmer, John | 0001 | MTC-00009165
Lin, Luke | 0001 | MTC-00025678
Lincoln, Beverly | 0001 | MTC-00026549
Linde, Peter | 0002 | MTC-00002266
Lindeman, June | 0001 | MTC-00024228
Linen, James | 0001 | MTC-00018666
Lingerfelter, Tom | 0001 | MTC-00003294
Lipinski, Terrence | 0001 | MTC-00023964
Liszewski, D. | 0001 | MTC-00002212
Liszewski, David J. | 0001 | MTC-00002215
Little, Bob | 0001 | MTC-00005236
Liu, Chappy | 0001 | MTC-00002312
Loebel, Dale | 0001 | MTC-00002090
Logan | 0001 | MTC-00011103
Lokanath, Patel | 0001 | MTC-00001819
Long, David S. | 0002 | MTC-00001955
Long, Steve | 0001 | MTC-00003202
Longfield, Michael | 0001 | MTC-00004618
Lope, Lois P. | 0001 | MTC-00025715
Loron, Peter | 0001 | MTC-00017561
Love, Michael | 0001 | MTC-00016098
Lowe, Daniel | 0002 | MTC-00019666
Loy, Bob | 0001 | MTC-00002791
Lu, Khai | 0001 | MTC-00013183
LUABEYA@ aol.com | 0002 | MTC-00001773
Luckypuppy12@ aol.com | 0002 | MTC-00029443
Ludlow, Peter | 0001 | MTC-00021797
Lund, Ray | 0001 | MTC-00013599
Lundgren, Andrew B. | 0001 | MTC-00002003
Luther, Erik | 0001 | MTC-00002920
Lyne, Nevin | 0002 | MTC-00001826
Lyons, Dean | 0001 | MTC-00032650
Maanum, Dale | 0001 | MTC-00020594
Macaddictfan@ cs.com | 0001 | MTC-00014149
MacDonald, Jamie | 0001 | MTC-00020337
MacDougall, Shaun | 0002 | MTC-00026996
MacGlashan, Donald | 0001 | MTC-00013623
Macmd | 0001 | MTC-00004321
macsrus@ papadocs.com | 0001 | MTC-00002638
Mactech@ mac.com | 0001 | MTC-00002081
Madaus, Edward P. | 0001 | MTC-00031192
Maddock, Gerry | 0001 | MTC-00002794
Magnuson, Mark | 0001 | MTC-00033721
Maher, Jack | 0002 | MTC-00002079
Maheuy, Gedeon | 0001 | MTC-00001833
Mahony, Pamel | 0001 | MTC-00033804
Major, Sean | 0001 | MTC-00014030
Malaska, Teo | 0001 | MTC-00017728
Malone, Angie | 0001 | MTC-00002282
Malone, Mark | 0001 | MTC-00013612
Mandas, Stephen | 0005 | MTC-00002939
Mander, Ian | 0002 | MTC-00002117
Manhollan, John W. | 0001 | MTC-00027985
Manro, William S. | 0001 | MTC-00017944
Mansour, Tim | 0001 | MTC-00013281
Manuel, David | 0001 | MTC-00002428
March, Bruce | 0002 | MTC-00001524
Marcus Casmo | 0001 | MTC-00019717
Marijke, Slos | 0001 | MTC-00001916
Mark, Jason | 0001 | MTC-00003470
Marks, Kenn | 0001 | MTC-00003482
Marlin, Bill | 0001 | MTC-00024349
MARLINS840@ aol.com | 0001 | MTC-00014105
Marshall, Robert C. | 0001 | MTC-00001602
Martello, Alan | 0002 | MTC-00002901
Martello, Allan | 0002 | MTC-00002717
Martin, Ron | 0001 | MTC-00004097
Martin, Sam | 0001 | MTC-00002286
Martinez, Alexander | 0001 | MTC-00009944
Martinez, Christopher | 0001 | MTC-00013847
Mason, David A. | 0001 | MTC-00019592
Mason, Richard | 0001 | MTC-00002378
Mast, Lawrence, E. | 0001 | MTC-00012020
Mastriano, Donald | 0001 | MTC-00001533
Matherson, Douglas | 0001 | MTC-00009680
Matt | 0001 | MTC-00002966
Matthew | 0001 | MTC-00026945
Matysiewicz, Ed | 0001 | MTC-00004084
Matzke Household | 0001 | MTC-00002161
Maupin, Nancy | 0001 | MTC-00030895
Maurer, Al | 0001 | MTC-00003616
Mayhall, Chris | 0002 | MTC-00024467
Mays, Ken | 0001 | MTC-00005384
McArn, John H. | 0001 | MTC-00002533
McCabe, Derek | 0001 | MTC-00004125
McCabe, Maurice | 0001 | MTC-00003021
McCain, Robin | 0002 | MTC-00009044
McClain, John | 0001 | MTC-00013690
McCloskey, Kevin | 0001 | MTC-00003769
McCrady, Matthew | 0001 | MTC-00013870
McCreary, Arnold | 0001 | MTC-00002120
McCrocklin, Stephen | 0001 | MTC-00002256
McCue, Dave | 0001 | MTC-00032249
McDaniel, Kevin | 0001 | MTC-00008260
McElroy, Thomas | 0001 | MTC-00018488
McFarland, Alison | 0001 | MTC-00014269
McFarland, Mark | 0002 | MTC-00014256
McGibney, John | 0001 | MTC-00002663
McGovern, Patrick | 0001 | MTC-00003478
McGowen, Brian | 0001 | MTC-00002357
McGraw, Lisa | 0001 | MTC-00019671
McGraw, Matthew | 0001 | MTC-00001854
McGraw, Patrick | 0001 | MTC-00002355
McGregor, Duncan | 0001 | MTC-00012531
McIntosh, Duncan | 0001 | MTC-00003132
McKay, Stephen | 0001 | MTC-00003419
McKeaun, Cary | 0002 | MTC-00002950
McKelvie, Neil | 0001 | MTC-00002067
McKinney, Michael | 0001 | MTC-00003203
McKinney, Terrence P. | 0001 | MTC-00029579
McLachlan | 0001 | MTC-00031341
McLeod, John | 0001 | MTC-00014393
McMains, Richard | 0001 | MTC-00011291
McMichael, Ron | 0001 | MTC-00010285
MCP | 0001 | MTC-00023550
McSwain, Ken | 0001 | MTC-00012762
McSweeney, Paul | 0001 | MTC-00033725
McVay, Eva | 0001 | MTC-00001836
Means, Jeffrey | 0002 | MTC-00003370
Meck, Emil | 0001 | MTC-00013078
Medinets, David | 0001 | MTC-00021840
Meek, Derek | 0001 | MTC-00002915
Mellor, Art | 0001 | MTC-00004935
Menart, John A. | 0001 | MTC-00007565
Menirv, Kene | 0001 | MTC-00015098
Menor, Scott | 0001 | MTC-00003450
Merkey, Brian | 0001 | MTC-00023108
Merritt, Maverick | 0001 | MTC-00003063
Mery, Wayne S. | 0001 | MTC-00002515
Messmer, Chris E. | 0001 | MTC-00023031
Meyer, Alan | 0001 | MTC-00003057
Meyer, Andreas | 0001 | MTC-00002774
Meyer, Doug | 0001 | MTC-00020246
Meyer, Priscilla | 0001 | MTC-00022997
Michael | 0001 | MTC-00013049
Mier, John | 0001 | MTC-00002842
Mikle, Vladimir | 0001 | MTC-00002392
Milevskiy, Trevor | 0001 | MTC-00002062
Miller, Christian | 0001 | MTC-00014155
Miller, Greg | 0001 | MTC-00032091
Miller, Jan | 0001 | MTC-00011575
Miller, Jason | 0001 | MTC-00001915
Miller, Joanne | 0001 | MTC-00014211
Miller, John R. | 0001 | MTC-00004006
Miller, Kent | 0001 | MTC-00019277
Miller, Robert | 0001 | MTC-00017865
Milliken, Scott | 0001 | MTC-00016535
Mills, Josh | 0001 | MTC-00022938
Minette, Garth | 0001 | MTC-00018200
Minix, David | 0001 | MTC-00025315
Minkin, Andrew | 0001 | MTC-00005666
Minott, Bob | 0001 | MTC-00008510
Mitchell, Craig | 0001 | MTC-00020153
Mitchell, Mark | 0001 | MTC-00002483
Moffel, K.V. | 0001 | MTC-00016991
Molianen, Mikko | 0001 | MTC-00003987
Molina, Raphael | 0001 | MTC-00024597
Monahan, John | 0001 | MTC-00004694
Monczik, Paul | 0002 | MTC-00009648
Monde | 0001 | MTC-00011622
Montalio, Don | 0001 | MTC-00003773
Montalvo, Don | 0001 | MTC-00014247
Moore, Brendan | 0001 | MTC-00004740
Moore, Cameron | 0001 | MTC-00022028
Moore, Dan | 0001 | MTC-00004484
Moore, Jack C. | 0001 | MTC-00008315
Moore, Leon | 0001 | MTC-00025608
Moore, Scott | 0001 | MTC-00014480
Moore, V. S. | 0001 | MTC-00001882
Moose, Mike | 0001 | MTC-00017182
Moreno, Guillermo | 0003 | MTC-00001992
Moreno, Jerry | 0001 | MTC-00002568
Moresi, Jim | 0001 | MTC-00003263
Morgan, Ginny | 0001 | MTC-00002301
Morgan, Jeremy | 0002 | MTC-00004237
Morgan, Robert | 0001 | MTC-00001952
Morgan, Tim | 0001 | MTC-00002456
Morin, Steve | 0001 | MTC-00003683
Morris, Connie | 0001 | MTC-00029958
Morris, Reesa | 0001 | MTC-00002598
Morris, Ron | 0001 | MTC-00003292
Morrow, Randy | 0001 | MTC-00003084
Morse, Roger | 0002 | MTC-00013987
Mosher, Jim | 0001 | MTC-00011512
Moss, David | 0001 | MTC-00013553
Mostetler, Ronald E. | 0001 | MTC-00014205
Motwani, Rajesh | 0001 | MTC-00003570
Mr. Dan | 0001 | MTC-00009333
MS Settlement | 0001 | MTC-00024589
Mulholland, Jerry E. | 0001 | MTC-00002530
Mullen, Jeff | 0001 | MTC-00019554
Muller, David | 0001 | MTC-00025224
Muller, Martin | 0001 | MTC-00003111
Mumey, Sol | 0001 | MTC-00002434
Mundt, John P. | 0001 | MTC-00001028
Murphy, Brian | 0001 | MTC-00001970
Murphy, Bruce | 0002 | MTC-00021178
Murphy, Duane | 0001 | MTC-00002271
Murray, David | 0001 | MTC-00004940
Murteza, MIchele | 0001 | MTC-00003599
Muse, Johnnie | 0001 | MTC-00024592
Musson, Timothy A. | 0001 | MTC-00024507
Myers, Jerry | 0002 | MTC-00001711
MZK225@ aol.com | 0001 | MTC-00002396
Narayanan, Ashok | 0002 | MTC-00015870
Nassar, Munir | 0001 | MTC-00015068
Naulty , John Stephen | 0001 | MTC-00002414
Navarro, Randy | 0001 | MTC-00002574
Naylor, John | 0001 | MTC-00004102
NCC74656@ |  |
SubDimension.com | 0001 | MTC-00003038
Neal | 0001 | MTC-00004965
Nealy, Keith | 0001 | MTC-00006989
Neill, Steven | 0001 | MTC-00024347
Nel, Ricco | 0001 | MTC-00002364
Nelson, Dwain | 0001 | MTC-00011484
Nelson, Erick | 0001 | MTC-00002474
Nelson@ sass165.sancia.gov | 0001 | MTC-00002668
Ness, Zoltan | 0001 | MTC-00031860
Nichols, Cynthia | 0001 | MTC-00002065
Nies, Bob | 0001 | MTC-00002383
Nietzel, Earle | 0001 | MTC-00003915
Nigrelli, Terry | 0001 | MTC-00002052
Nixon, Bob | 0001 | MTC-00000719
Nixon, Bob | 0001 | MTC-00032258
Noggle, Benjamin | 0003 | MTC-00003761
Nortleet, David | 0001 | MTC-00002363
Novak, Michael | 0001 | MTC-00015203
Nowlin, Bill | 0001 | MTC-00019692
Nunez, Fred F. | 0001 | MTC-00012400
Nye, Randy | 0002 | MTC-00004983
NYTRAL@ WTG.USDOJ.GOV | 0001 | MTC-00019139
O'Brien, Danny | 0001 | MTC-00003189
O'Brien, Robert | 0001 | MTC-00002096
O'Brien, Roger | 0001 | MTC-00004608
O'Connell, Bob | 0001 | MTC-00019399
O'Grady, Emmett | 0001 | MTC-00002820
O'Rourke, Chris | 0001 | MTC-00002250
O'Sullivan, Kevin | 0001 | MTC-00031194
Oekerman, Victor E. | 0001 | MTC-00023028
Ohnheiser, Lawrence | 0001 | MTC-00025083
Oleson, Kiel | 0001 | MTC-00023523
Olson, Brian | 0001 | MTC-00030253
Olson, Jay | 0001 | MTC-00001900
Olson, Lloyd | 0001 | MTC-00001981
Olson, Lloyd | 0001 | MTC-00004379
Opyt, Barbara | 0001 | MTC-00023271
Ordonez, Isaac | 0001 | MTC-00010843
Orlosky, Ed | 0001 | MTC-00002129
Orzech, Joshua | 0001 | MTC-00001619
Orzech, Joshua | 0002 | MTC-00004936
Osterhues, Paul | 0001 | MTC-00012388
Oswald, John | 0001 | MTC-00002445
Overdier, George | 0001 | MTC-00003867
Owen, Dave | 0002 | MTC-00003995
Oxford, Ron | 0002 | MTC-00022128
Packer, Beryl | 0001 | MTC-00025823
Pahlajani, Dan | 0001 | MTC-00013457
Paight, Dan | 0001 | MTC-00014095
Palfini, Dorothy | 0001 | MTC-00031447
Palmer, Ed | 0001 | MTC-00002241
Palmer, Linda | 0001 | MTC-00002269
Palmer, Walter | 0001 | MTC-00013951
Palumbo, Anthony | 0001 | MTC-00004648
Palumbo, Tony | 0001 | MTC-00002376
Palumbo, Tony | 0002 | MTC-00002416
Palumbo, Tony | 0008 | MTC-00008670
Pankuch, Brian | 0001 | MTC-00004944
Pantelic, Milan | 0001 | MTC-00026924
Pappas, Charles | 0001 | MTC-00009155
Parker, Jonathan | 0001 | MTC-00002812
Parker, Robert | 0001 | MTC-00003534
Parker, William | 0001 | MTC-00003847
Parks, Pete | 0001 | MTC-00004502
Parlo, Joe | 0002 | MTC-00003049
Parradee, William | 0001 | MTC-00025260
Partida, Reuben | 0001 | MTC-00015945
patcl@ wt6.usdoj.gov | 0001 | MTC-00019284
Patridge, Donald | 0001 | MTC-00002642
Patton, Simeon | 0001 | MTC-00004676
Paul, Joe | 0001 | MTC-00001756
Pause, Craig | 0001 | MTC-00023953
Pause, G. and Brown, Triniolud | 0001 | MTC-00033413
Pavlo, Joe | 0002 | MTC-00003391
Pearre, Ben | 0001 | MTC-00001639
Peavy, Derrick | 0001 | MTC-00032772
Peetz, Ryan | 0001 | MTC-00002982
Pereira, Nino | 0002 | MTC-00002151
Perez, Rafael | 0001 | MTC-00003088
Perry, Alex | 0004 | MTC-00001502
Perry, Stephen | 0001 | MTC-00002223
Peter, John | 0001 | MTC-00008735
Peters, Shanan | 0001 | MTC-00002497
Petit, Brent J.B. | 0002 | MTC-00002361
Petrella, Corrado | 0001 | MTC-00007520
Pettigrew, Robert | 0001 | MTC-00013938
Pfaff, Jon | 0002 | MTC-00018330
Philippe, Jean | 0001 | MTC-00002959
Philips, Kenn | 0001 | MTC-00001694
Phillips, Christopher | 0001 | MTC-00002084
Phillips, Steve | 0001 | MTC-00003983
Pickering, Bill | 0001 | MTC-00002189
Pike, Brian | 0002 | MTC-00003443
Pinkham, Wayne | 0002 | MTC-00013067
Piper, David | 0001 | MTC-00033798
Plale, Jeff | 0002 | MTC-00029983
Platon, Larry | 0001 | MTC-00004122
Platzker, David | 0002 | MTC-00001977
Plotnik, Sharonne | 0001 | MTC-00011982
Ploudre, Jonathan | 0001 | MTC-00003638
Pluchinski, Derek | 0001 | MTC-00020175
Poe, Tom | 0001 | MTC-00002700
Pollack, Michael | 0001 | MTC-00013885
Porcher, R. D. | 0001 | MTC-00015938
Poreda, Robert | 0001 | MTC-00004979
Portal, Bob | 0001 | MTC-00012931
Potochnik, Mark | 0001 | MTC-00004138
Potter, Nathan | 0002 | MTC-00003224
Poulson, Lynn H. | 0001 | MTC-00002227
Powell, Bryan C. | 0001 | MTC-00021098
Powell, Jeff | 0001 | MTC-00010301
Power, Judy | 0001 | MTC-00027736
Prickett, Gary | 0001 | MTC-00021794
Prigam, Scott | 0001 | MTC-00030634
Professor | 0001 | MTC-00013090
Pulfer, Doug | 0001 | MTC-00002599
Pullin, Ann | 0001 | MTC-00029956
Pulsifer, Dean | 0001 | MTC-00003043
Purushotham, Prakash | 0001 | MTC-00003087
Putzsch, Donald | 0001 | MTC-00001709
Pye, Lynn | 0001 | MTC-00015871
Quest | 0001 | MTC-00004114
Quiroz, Michael | 0001 | MTC-00001982
r(r)hodg Hodgson | 0002 | MTC-00013194
R., Jay | 0001 | MTC-00018430
Rachiele, Dino | 0001 | MTC-00025643
Raclaw, Greg | 0001 | MTC-00021915
Ragole, Joe | 0001 | MTC-00003338
Ralph Heymann | 0001 | MTC-00019729
Ramsey, Bob | 0002 | MTC-00015496
Ramsey, Charles | 0001 | MTC-00031976
Ramsey, Jeff | 0002 | MTC-00004081
Randall, David | 0001 | MTC-00013093
Randall, William T. Jr. | 0001 | MTC-00021708
Ranganarth, Anoop | 0001 | MTC-00019884
Rarden, Scott | 0001 | MTC-00010131
Rasmussen, Dean | 0001 | MTC-00002188
Rastani, Joan | 0001 | MTC-00001604
Raulhauser, Neal | 0001 | MTC-00017579
Ray2001 | 0001 | MTC-00023499
Rebard, Barbara | 0001 | MTC-00012582
Rector, Stephen | 0002 | MTC-00005029
Redfern, Rick | 0001 | MTC-00010486
Reece, Jack | 0001 | MTC-00027666
Reiszner, Kenneth D. | 0001 | MTC-00003098
Remington, Robert | 0001 | MTC-00011184
Renaudsprincess@ aol.com | 0001 | MTC-00013991
Rettke, Brandon | 0001 | MTC-00027756
Revira, Carlos | 0001 | MTC-00003566
Reynolds, David F. | 0001 | MTC-00016386
Reynolds, Mark | 0001 | MTC-00002759
Rhemoe | 0001 | MTC-00022979
Rice, Houston | 0001 | MTC-00011951
Rice, Mike | 0001 | MTC-00024333
Richard | 0003 | MTC-00032084
Richards | 0001 | MTC-00013399
Richardson, Jack | 0001 | MTC-00021511
Richardson, Rick | 0002 | MTC-00017649
Richter, Jeremy | 0001 | MTC-00004757
Riddell, Jay | 0001 | MTC-00022010
Ridgard, Robert | 0001 | MTC-00004521
Riegel, Nicholas | 0002 | MTC-00004141
Riggio, Edward B. | 0001 | MTC-00026977
Rittgers, Tim | 0001 | MTC-00013554
Rivas, William | 0001 | MTC-00013697
Rizzo, Joseph | 0001 | MTC-00011355
Rizzuto, C. R. | 0001 | MTC-00019633
rjm.rn1@ juno.com | 0001 | MTC-00028184
Roaten, Robb | 0001 | MTC-00001796
Robbins, Owen | 0001 | MTC-00021569
Roberto, Arias E. | 0001 | MTC-00002583
Roberts, David | 0001 | MTC-00024872
Roberts, Hank | 0001 | MTC-00023714
Robertson, Kerry | 0001 | MTC-00002503
Robertson, Paul D. | 0001 | MTC-00015169
Robinson, Jim | 0001 | MTC-00013549
Robinson, Josie | 0001 | MTC-00003328
Roccasecca. Eric | 0001 | MTC-00002255
Rockers, Robert | 0001 | MTC-00002640
Rockwell, Lucas | 0001 | MTC-00029152
Rocus, Michael E. | 0001 | MTC-00001556
Rodgers, Bill | 0001 | MTC-00023877
Roe, Matthew | 0001 | MTC-00002058
Roeffen, Hans | 0001 | MTC-00003129
Rogala, David | 0001 | MTC-00002841
Rogers, Catherine | 0001 | MTC-00028053
Rogers, Don | 0001 | MTC-00000090
Roh, Don | 0001 | MTC-00003231
Roh, Robert A. | 0001 | MTC-00001928
root@ wt6.usdoj.gov | 0002 | MTC-00002191
Roscoe, Neal | 0001 | MTC-00019667
Rosendale, Dan | 0001 | MTC-00001651
Ross, Ray | 0001 | MTC-00024570
Rothe, Rose | 0001 | MTC-00022446
Rothe, Rose and Dietmar | 0001 | MTC-00022447
Rothman, Lily | 0001 | MTC-00022413
Roughganden, Andrew | 0001 | MTC-00003846
Rouleau, Joseph S. | 0002 | MTC-00004137
roulnels@ hotmail.com | 0001 | MTC-00028083
Rubick, Jade | 0001 | MTC-00003246
Ruiz-Olivears, Wilfredo | 0001 | MTC-00002446
Russel, Frank Ross | 0001 | MTC-00007557
Russell, Marilynn M. | 0001 | MTC-00032623
Russell, Phil | 0002 | MTC-00024659
Rutherford, Rick | 0002 | MTC-00002418
Ryshpan, Jonathan | 0001 | MTC-00002512
Sacco, Michael | 0001 | MTC-00002645
Sahakian, Curt | 0001 | MTC-00009208
Sahakian, Curt | 0004 | MTC-00017204
Saider, Gordon | 0001 | MTC-00027100
Salaja, Mary | 0001 | MTC-00010320
Salisbury, Mark | 0001 | MTC-00015232
Samec, Monica | 0004 | MTC-00004381
Sandrock, Mark | 0001 | MTC-00002342
Sandusky, Bill | 0001 | MTC-00003209
Santmyers, Stephanie | 0001 | MTC-00001958
Santmyers, Stephanie | 0001 | MTC-00004654
Sarrasin, Roger | 0001 | MTC-00003858
Sattler, Michael | 0001 | MTC-00013292
Sawley, Lewis W. | 0001 | MTC-00028961
Scalora, Mike | 0001 | MTC-00003659
Schalliol, Jon | 0001 | MTC-00002028
Scharff, Karelle | 0001 | MTC-00027428
SChatz, Derek | 0001 | MTC-00024865
Scheil, James | 0001 | MTC-00011702
Schier, Steven | 0001 | MTC-00002074
Schmidt, C. | 0001 | MTC-00016108
Schmidt, Hal | 0001 | MTC-00010507
Schmidt, Victor H. | 0001 | MTC-00013898
Schneider, Tom D. | 0001 | MTC-00004066
Scholp, Carol | 0001 | MTC-00012421
Schreiner, Gernot | 0001 | MTC-00002537
Schrey, David | 0001 | MTC-00003166
Schroeder, John W. | 0001 | MTC-00010499
Schuh, Mike | 0002 | MTC-00029535
Schulman, Robert | 0001 | MTC-00009021
Schulteis, Tim | 0002 | MTC-00028978
Schumer, Sol | 0001 | MTC-00002643
Schwab, August | 0001 | MTC-00008420
Schwab, Auguste | 0001 | MTC-00021638
Schwartz | 0001 | MTC-00031329
Schwartz, Dan | 0001 | MTC-00024085
Schweiker, Roy | 0001 | MTC-00008553
SCOOBSJK | 0001 | MTC-00003050
Scott, Andrew | 0001 | MTC-00016162
Scott, Jane | 0001 | MTC-00012721
Scott, Roger | 0001 | MTC-00002424
Sealey, Mark | 0001 | MTC-00004784
Sean McNally | 0001 | MTC-00019745
Seels, Barbara | 0001 | MTC-00010077
Sell, Leo | 0001 | MTC-00018493
Senkmajer, Erick J. | 0001 | MTC-00014365
Sercel, Joel C. | 0001 | MTC-00026404
Serda, Clyde | 0001 | MTC-00008132
Setzer, John | 0001 | MTC-00004192
Sevakis, Justin | 0001 | MTC-00014131
Shackelford, John | 0001 | MTC-00002181
Shade, gary | 0001 | MTC-00024565
Shannon, Duncan | 0001 | MTC-00016142
Sharpe, Christie | 0001 | MTC-00008792
Shawn | 0001 | MTC-00025876
Shay, William | 0001 | MTC-00003408
Sherman, Roger L. | 0001 | MTC-00030495
Sherrell, Lee | 0002 | MTC-00020580
Shiller, Robert N. | 0001 | MTC-00004752
Shlapak, David | 0001 | MTC-00014707
Shuck, Jason | 0001 | MTC-00012899
Shultz, Jeff | 0001 | MTC-00002071
Shupe, Jason | 0001 | MTC-00017499
Shuren, Richard | 0001 | MTC-00013593
Siino, John | 0001 | MTC-00019278
Silva, Scott | 0001 | MTC-00002859
Silva, Tony | 0001 | MTC-00026613
Silverman, Stanley | 0001 | MTC-00018832
Simmons, Craig | 0001 | MTC-00001705
Simmons, Josh | 0001 | MTC-00017618
Simmons, Robert | 0001 | MTC-00019388
Simmons, Robert | 0001 | MTC-00022929
Simone, Cal | 0001 | MTC-00002299
Simpson, Jason | 0001 | MTC-00002838
Simpson, Ned | 0001 | MTC-00013072
Singer, Jed | 0001 | MTC-00014453
Siu, Norman | 0001 | MTC-00020111
Skinner, Steve | 0001 | MTC-00018612
Skinner, Steve | 0001 | MTC-00027595
Sledge, Dwight | 0001 | MTC-00002861
Slocum, Allan | 0001 | MTC-00019528
Slosser, Eric | 0001 | MTC-00002379
Smith, Ann | 0001 | MTC-00028541
Smith, Calvin | 0001 | MTC-00003112
Smith, Christopher | 0001 | MTC-00002374
Smith, Dave | 0001 | MTC-00014713
Smith, Don C. | 0001 | MTC-00013386
Smith, James T. | 0001 | MTC-00001843
Smith, Larry | 0001 | MTC-00003870
Smith, Paul | 0001 | MTC-00004065
Smith, Paul | 0001 | MTC-00018588
Smith, Rodney | 0003 | MTC-00001809
Smith, Tom | 0001 | MTC-00019552
Smith, Wayne | 0001 | MTC-00004703
Smith, William | 0001 | MTC-00003324
Smith, William | 0001 | MTC-00003326
Snyder, Dean | 0001 | MTC-00001605
Snyder, Gary | 0001 | MTC-00026503
Snyder, Gregory Ernst | 0001 | MTC-00014809
Snyder, Lorraine | 0001 | MTC-00018453
Snyder, Matt | 0001 | MTC-00002886
Snyder, Matt | 0001 | MTC-00002887
Snyder, Nick | 0001 | MTC-00024646
Soeffing, Christopher | 0001 | MTC-00013469
Solet, Thomas L. | 0001 | MTC-00032244
Solomon, Laura | 0001 | MTC-00003931
Solon, David | 0001 | MTC-00020706
Solorzano, Jorge E. | 0001 | MTC-00019682
Son, Seha | 0001 | MTC-00024648
Sorrell, Kurt | 0001 | MTC-00024051
Sotillo-Hermoso, Samuel | 0001 | MTC-00011372
Sowell, Beverly Ann | 0001 | MTC-00011475
Spack, Jameo | 0001 | MTC-00004230
Sparling, Dana | 0001 | MTC-00003170
Spencer, Joe | 0001 | MTC-00003557
Sperazza, Michael | 0001 | MTC-00001807
Spinney, David | 0001 | MTC-00002075
Spoon, Becky | 0001 | MTC-00012861
Sprague, Michael | 0001 | MTC-00002878
Spray, Stephen T. | 0001 | MTC-00010449
Spray, Stephen T. | 0001 | MTC-00010576
Spyra, Bart | 0001 | MTC-00002883
Squire, Bill | 0001 | MTC-00004079
ssirles@ csc.com | 0001 | MTC-00002514
Stahl, Jere | 0001 | MTC-00005341
Stajkowski, Allen | 0001 | MTC-00022530
Staley, Paul | 0001 | MTC-00023870
Stang, Spencer J. | 0001 | MTC-00022529
Stanley, Larry | 0001 | MTC-00003134
Stapel, Frank | 0001 | MTC-00010639
Stapelberg, Patrick | 0001 | MTC-00001607
Starns, Don | 0001 | MTC-00014104
Stawn, Natalie | 0001 | MTC-00027697
Stechmann, David | 0001 | MTC-00012922
Stecklein, Michelle | 0002 | MTC-00023310
Steckman, Walter | 0001 | MTC-00008668
Stein, Judy | 0001 | MTC-00028900
Steiner, Jon | 0001 | MTC-00001627
Stelou, Dean | 0001 | MTC-00027781
Stenle, Jessee | 0001 | MTC-00012112
Stenner, Jack | 0001 | MTC-00002182
Sternecker, Geoff | 0001 | MTC-00002789
Stetner, Douglas | 0001 | MTC-00002139
Stewart, Glen | 0002 | MTC-00019235
Stewart, Jerry | 0001 | MTC-00019234
Stewart, Mary L. | 0002 | MTC-00002239
Stilih, John C. | 0001 | MTC-00023921
Stokes, Matthew | 0002 | MTC-00002675
Storm, George Lawrence | 0002 | MTC-00029268
Stowe, Michael | 0001 | MTC-00002846
Straus, Jim | 0002 | MTC-00002298
Street, Brian | 0001 | MTC-00016856
Stroavaldsen, Eric | 0001 | MTC-00019606
Strohman, Rollin | 0001 | MTC-00003017
Stuhan, Richard | 0001 | MTC-00024094
Suarez, Jose | 0001 | MTC-00002786
Suckling, J. Robert | 0002 | MTC-00002888
Sullivan, Michael | 0001 | MTC-00003970
Summers, Ruth | 0001 | MTC-00028483
Sunnybarb@ hotmail.com | 0001 | MTC-00011420
Sutton, Colin | 0001 | MTC-00001654
Swain, Nancy | 0001 | MTC-00021156
Swalby, Louie | 0001 | MTC-00029031
Swartzrauber, Sayre | 0001 | MTC-00002916
Sweeney, Dave | 0001 | MTC-00022875
Sweet, Marilyn | 0001 | MTC-00017884
Sweet, Meriby | 0001 | MTC-00022191
Swerdfeger, Vern | 0001 | MTC-00012933
Sydney, Mat | 0001 | MTC-00004842
Syska, Andrew J. | 0001 | MTC-00022149
Syverson, Jason | 0001 | MTC-00002509
Szmidt, Steve | 0001 | MTC-00015176
Taggart, Mark | 0001 | MTC-00004763
Takcett, Norm | 0001 | MTC-00003532
Takemoto-Sua, Terrie | 0001 | MTC-00012042
Takeuchi, Paul | 0001 | MTC-00001847
Tamburri, Nick | 0002 | MTC-00001855
Tarpley, James M. | 0001 | MTC-00010407
Tarsi, David | 0001 | MTC-00002634
Tarvin, Derek | 0001 | MTC-00026954
Taylor, Kevin | 0003 | MTC-00023711
Taylor, Warren F. | 0001 | MTC-00025419
Tempus, Praedor | 0001 | MTC-00001802
ten Berge, Jeroen | 0001 | MTC-00003125
Teng, Barnard Eh Lai | 0001 | MTC-00020343
Tennis, Clarence | 0001 | MTC-00002525
Terret, David | 0001 | MTC-00004905
Thale, Jim | 0001 | MTC-00002534
The Stillmans | 0001 | MTC-00021868
The, Steven | 0001 | MTC-00021890
Thedy, Harmon | 0001 | MTC-00026352
Thedy, Joyce | 0001 | MTC-00026341
Theriault, Jim | 0001 | MTC-00003055
Thiesen, Tom | 0001 | MTC-00006565
Thiesen, Tom | 0001 | MTC-00023835
Thomas, Allen G. | 0001 | MTC-00001599
Thomas, Lynn | 0001 | MTC-00019236
Thome, Mark | 0001 | MTC-00020152
Thomson, Paul | 0001 | MTC-00002142
Thorbz@ aol.com | 0001 | MTC-00011567
Thornau, Bryan | 0001 | MTC-00001861
Tiedje, Christopher | 0001 | MTC-00002061
Tillman, Gordon | 0001 | MTC-00002667
tim.balder@ hickorytech.com | 0001 | MTC-00014569
Tindale, Lu | 0001 | MTC-00001793
Toarud, Jeff | 0001 | MTC-00013974
Tom | 0001 | MTC-00001771
Tom@ Abacurial.com | 0002 | MTC-00032367
Tombolini, Francesco | 0001 | MTC-00003101
Tortolani, Julia | 0002 | MTC-00002280
Trachsel, Steven W. | 0001 | MTC-00002435
Travifzky, John | 0002 | MTC-00008773
Treadgold, Gavin | 0001 | MTC-00003696
Tregaskis, Wade | 0002 | MTC-00003999
Trent III, Horace Arthur | 0001 | MTC-00004737
Trout, Barry | 0001 | MTC-00004289
Truong, Charles | 0001 | MTC-00013286
TS | 0002 | MTC-00012530
Tsui, Talos | 0001 | MTC-00001798
Tuinstra, Aaron | 0001 | MTC-00016341
Tuttle, James W. | 0001 | MTC-00019112
Tweedle, Roy | 0001 | MTC-00007644
Tyler, Ann | 0001 | MTC-00001542
Tyler, Ann L. | 0001 | MTC-00001543
Tyler, David | 0001 | MTC-00002224
Valdes-Flores, Sergio | 0003 | MTC-00001853
Vallance, Michael | 0001 | MTC-00013750
Van Deinse, David | 0001 | MTC-00002185
Van Der Kleis, Michel J.L. | 0001 | MTC-00003136
Van Gillune, Peter | 0002 | MTC-00030647
van Hecke, William C. T. | 0001 | MTC-00017620
Van Iersel, Martin | 0001 | MTC-00004166
Van Riper, Timothy | 0001 | MTC-00024623
Van Schie, Leon | 0002 | MTC-00001787
Van Scyoc, Michael | 0002 | MTC-00002554
Van Voris, Reid | 0001 | MTC-00002292
VanDamme, Steve | 0001 | MTC-00023925
Vandepol, Scott | 0001 | MTC-00014716
Vander Sande, MIchael | 0001 | MTC-00004404
VanDeusen, Paul | 0001 | MTC-00003139
Varner, Darren | 0001 | MTC-00004950
Varner, Darron | 0001 | MTC-00001624
Vath, Perry | 0001 | MTC-00014227
Vaughan, Chris | 0001 | MTC-00002636
Velazquez, Mark and Ochun, Soila | 0002 | MTC-00002190
Velso, Vivek | 0001 | MTC-00027340
Vennik, David | 0002 | MTC-00002970
Verde, Kevin | 0001 | MTC-00015100
Verkler, George | 0001 | MTC-00002249
Vetere, Dan | 0001 | MTC-00014422
Vgerdjk@ optonline.net | 0001 | MTC-00002862
Vidal, Gerald | 0001 | MTC-00025405
Vigliotti, Anthony J. | 0001 | MTC-00031958
Vislocky, Joe | 0001 | MTC-00010305
Vitale, Nicola | 0001 | MTC-00003047
Voss, Ron | 0001 | MTC-00017673
Vost, Gary | 0002 | MTC-00014071
Vota, Paul | 0001 | MTC-00021467
W, Nathaniel | 0001 | MTC-00003787
Wagganer, Robin | 0001 | MTC-00002270
Wagner, George | 0001 | MTC-00004452
Wagner, Sean | 0001 | MTC-00001844
waldthingfever@ aol.com | 0001 | MTC-00001512
Walion, Robert | 0001 | MTC-00002601
Walker, Dave and Lee, Andrew | 0001 | MTC-00002204
Walker, Greg | 0001 | MTC-00002432
Walker, Greg | 0002 | MTC-00004962
Wallace, John | 0001 | MTC-00002277
Walls, Jeffrey | 0003 | MTC-00018535
Walser, David | 0001 | MTC-00019858
Walsh, Mark | 0001 | MTC-00021292
Walter, Scott | 0001 | MTC-00019004
Walz, Joe W. | 0001 | MTC-00004109
Walz, Joe W. | 0001 | MTC-00004147
Wampler, Troy | 0001 | MTC-00002451
Wang, Michael | 0001 | MTC-00002632
Ward Sr., Don M. | 0001 | MTC-00033625
Wardroper, Alan | 0001 | MTC-00002391
Ware, Brent | 0001 | MTC-00024600
Ware, Brett | 0001 | MTC-00024603
Warner, Clark | 0002 | MTC-00002319
Warner, Doug | 0001 | MTC-00029241
Warren, Brian | 0001 | MTC-00002371
Waters, Durano C. | 0002 | MTC-00012037
Waters, Jeff | 0001 | MTC-00003035
Watkins, Jeff | 0002 | MTC-00017657
Watson, Dirk | 0001 | MTC-00021913
Watson, Ken | 0001 | MTC-00020141
Watson, Todd | 0002 | MTC-00003040
Watson, Tom | 0001 | MTC-00025262
Webb, W. | 0001 | MTC-00002520
Weber, Karen | 0001 | MTC-00004290
Webservant, William Hailer | 0003 | MTC-00004861
Webster, Greg | 0001 | MTC-00002971
Webster, Warren-Albert | 0001 | MTC-00013740
Weeks, Eric | 0001 | MTC-00027467
Weide, Don | 0001 | MTC-00012780
Weinblatt, Deke | 0001 | MTC-00004283
Weissman, Jocelyn and Allan | 0002 | MTC-00003493
Weitz, Russell | 0001 | MTC-00002415
Welti, Russ | 0001 | MTC-00003089
Werner, Eric | 0002 | MTC-00002587
Weseman, Luke | 0001 | MTC-00002817
WestKamper, Mike | 0001 | MTC-00004603
Wetherall, John | 0001 | MTC-00019532
Wetzl, Tom | 0001 | MTC-00012533
Weuve, Christopher | 0001 | MTC-00016921
WFH@ byesdomny.woland.net | 0001 | MTC-00003076
Wheeler, Gina | 0002 | MTC-00002495
Wheeler, Kyle | 0001 | MTC-00018709
White, Marcus | 0001 | MTC-00022570
White, Vince | 0001 | MTC-00003281
Whitehead, Myron | 0001 | MTC-00016124
Whitesage, Michael | 0001 | MTC-00003936
Wieck, Randy | 0001 | MTC-00004908
Wiemers, Scott | 0001 | MTC-00002529
Wiggins, Adam | 0001 | MTC-00018509
Wilde, C.J. | 0001 | MTC-00001630
WIlliam-Jack@ msn.com | 0001 | MTC-00011436
Williams, Brooks | 0001 | MTC-00013602
Williams, John | 0002 | MTC-00009729
Williams, Tyler E. III | 0001 | MTC-00024212
Williamson, Denis | 0001 | MTC-00004052
Wills, Matt | 0001 | MTC-00001983
Wilson, Eric | 0001 | MTC-00016744
Winne, Chris | 0001 | MTC-00003167
Winson, John | 0001 | MTC-00002056
Wise, Jeremey | 0002 | MTC-00004628
Wise, Michael J. | 0001 | MTC-00002098
Wise, Philip | 0002 | MTC-00018489
Wisner, Mark | 0001 | MTC-00004773
Witte, Tom | 0001 | MTC-00002337
Witte, Tom | 0001 | MTC-00007259
Witteman, Bradley | 0002 | MTC-00022177
Wolf, Craig | 0001 | MTC-00002727
Wolf, Ruthanna | 0001 | MTC-00012044
Wong, Kathi | 0001 | MTC-00001929
Wong, Tom | 0001 | MTC-00023948
Wong, Tom | 0001 | MTC-00033411
Wood, Carlo | 0001 | MTC-00003535
Wood, Randall | 0001 | MTC-00004888
Woodbury, C. Jeffery | 0001 | MTC-00013190
Woodress, Polly | 0001 | MTC-00019505
Woolverton, Stephen | 0001 | MTC-00002686
Wurzbacher, Keith | 0001 | MTC-00004319
Yarborough, Donna | 0001 | MTC-00009098
Yemm, Stephen W. | 0001 | MTC-00008474
Yingst, Harry | 0001 | MTC-00002605
Yochum, Richard | 0001 | MTC-00012925
Yoho, Edward | 0001 | MTC-00021512
Yorgey, Dean | 0001 | MTC-00001588
York, Bill | 0002 | MTC-00010283
Yoshida, Aiichiro | 0001 | MTC-00019001
Young, David | 0001 | MTC-00026204
Young, David C. | 0001 | MTC-00019969
youngww@ hotmail.com | 0001 | MTC-00012738
Yuan, Lynn | 0001 | MTC-00003240
Zane, Jeremy | 0001 | MTC-00033683
Zaske, Karl | 0001 | MTC-00004755
Zavialov, Igor | 0001 | MTC-00002550
Zeestraten, Crystal | 0001 | MTC-00004271
Zelichowski, Darius | 0001 | MTC-00003439
Ziegler, Carl | 0001 | MTC-00018541
Ziehm, Donald S. | 0001 | MTC-00002664
Zipp, Murray | 0001 | MTC-00003459
ZIpperhead Sunshine | 0001 | MTC-00003779
Zollars, William B. | 0003 | MTC-00030350
Zoltan, Ness | 0001 | MTC-00017871

2. Do Not Related to the Revised Proposed Final Judgment, But Relate to the Microsoft Case

Name | Number of pages | Unique number
16fort36@ cs.com | 0001 | MTC-00010476
a | 0002 | MTC-00004269
Abbey, David | 0001 | MTC-00012552
Abbott, Barbara | 0001 | MTC-00020791
Abbott, Patricia | 0001 | MTC-00024814
Abbott, Ronald | 0001 | MTC-00013303
Abel, Earl | 0001 | MTC-00012662
Abell, Jim | 0002 | MTC-00028519
Abell, Joseph | 0002 | MTC-00033158
Abernathy, Lannie | 0001 | MTC-00010017
Ableson, Wendla | 0001 | MTC-00014084
Abu Remaileh, Mufasem | 0001 | MTC-00011454
Aburn, Herbert | 0002 | MTC-00032966
aclauria@ colesys.com | 0001 | MTC-00025060
acrawford@ phillynews.com | 0001 | MTC-00028628
Adams, Bill | 0002 | MTC-00010549
Adams, Carol | 0001 | MTC-00012937
Adams, Cathie | 0001 | MTC-00030949
Adams, Chris | 0001 | MTC-00024257
Adams, John | 0001 | MTC-00006180
Adams, Patricia | 0001 | MTC-00022714
Adams, R. L. | 0001 | MTC-00006345
Adams, Robert | 0001 | MTC-00010082
Adams, Robert | 0001 | MTC-00012320
Adams, Shirley | 0001 | MTC-00007136
Adcock, Stewart | 0001 | MTC-00012873
Addison, Ann | 0001 | MTC-00020401
Addison, Linda | 0001 | MTC-00032661
Adelman, Howard | 0001 | MTC-00009150
Aden, Timothy | 0001 | MTC-00011931
Adler, Stu | 0001 | MTC-00008996
Administrator | 0001 | MTC-00013133
agapa1@ juno.com | 0001 | MTC-00024796
Aggichurc@ aol.com | 0001 | MTC-00012023
Aglialaro, John | 0001 | MTC-00010529
Agre, Arnold | 0001 | MTC-00007902
Aguilera, Fernando | 0002 | MTC-00014168
Aguirre, Jane | 0001 | MTC-00032714
Ah Kit, Jonathan | 0002 | MTC-00013969
ahowers@ juno.com | 0001 | MTC-00028604
Ahumada, Pat | 0001 | MTC-00032649
Ailanis, Robert G. | 0001 | MTC-00011973
Ailde | 0001 | MTC-00000668
Aitken, Chris | 0002 | MTC-00018676
Ajayan, Keith | 0001 | MTC-00014191
ajcor@ erols.com | 0001 | MTC-00011397
ajekiert@ hotmail.com | 0001 | MTC-00014548
ajimenez@ milesgr.com | 0001 | MTC-00028618
Akemann, Charles | 0001 | MTC-00000031
Akhimienmbona, Solomon | 0002 | MTC-00026518
Al-Hawaz, Laurie | 0001 | MTC-00013001
Ala'ilima, Titiimaea | 0001 | MTC-00004496
Alaniz, George | 0001 | MTC-00021214
Albarado, Carl | 0001 | MTC-00012641
alben4@ juno.com | 0001 | MTC-00028110
Alberg, Aaron | 0001 | MTC-00032715
Alberg, Robin | 0001 | MTC-00032713
Alberz, Aaron | 0001 | MTC-00021727
Albright, Bill | 0001 | MTC-00012454
Albright, Bill | 0001 | MTC-00001154
Alcini, Charles | 0001 | MTC-00023395
Alcini, Sandra | 0001 | MTC-00023388
Alcott, Joseph | 0001 | MTC-00008977
Aldridge, William | 0001 | MTC-00029040
Alex, Gheoghiu | 0002 | MTC-00010696
Alexander, Aubrey | 0001 | MTC-00016863
Alexander, Ben | 0001 | MTC-00022781
Alexander, Wes | 0001 | MTC-00032568
Alexeff, Igor | 0001 | MTC-00025825
Alfaro, Juan | 0001 | MTC-00023646
Alford, Larry C. | 0001 | MTC-00023479
Alger, Dave | 0001 | MTC-00003314
Ali, Shahid | 0001 | MTC-00025793
aliceajose@ hotmail.com | 0001 | MTC-00024247
Alkinc, Margaret | 0001 | MTC-00012311
Allan2233@ aol.com | 0001 | MTC-00014343
Allen, Carrie | 0001 | MTC-00032868
Allen, Gary | 0001 | MTC-00027611
Allen, George | 0002 | MTC-00031516
Allen, Jason | 0001 | MTC-00012058
Allen, Jeff S. | 0001 | MTC-00011632
Allen, Kevin | 0001 | MTC-00032763
Allen, Matt | 0001 | MTC-00028614
Allen, Michael | 0001 | MTC-00006963
Allen, Morris | 0001 | MTC-00005901
Allen, Patricia | 0001 | MTC-00012445
Allen, Peter | 0001 | MTC-00001620
Allensworth, Billie | 0001 | MTC-00023048
Alley, Michelle | 0002 | MTC-00032527
Allncl@ cs.com | 0001 | MTC-00011285
Allred, Andy | 0001 | MTC-00020236
Alme, Richard | 0001 | MTC-00018835
Almonnode, Virginia | 0001 | MTC-00032801
alnbax@ juno.com | 0001 | MTC-00012753
ALOBAO@ microsoft.com | 0001 | MTC-00018090
Aloia, Paul | 0002 | MTC-00033043
Aloian, Lawrence | 0001 | MTC-00006981
Alpert, Irvine | 0003 | MTC-00008147
Alterman, Shayna | 0001 | MTC-00009645
Altes, James | 0001 | MTC-00027987
Althoff, James | 0001 | MTC-00011718
Althoff, Jim E. | 0001 | MTC-00011712
Altmeyer, Tara | 0001 | MTC-00022596
Altomari, Frank J. | 0001 | MTC-00006985
Altru1@ aol.com | 0001 | MTC-00008159
Alvar, David | 0001 | MTC-00012190
Alvarez, Don | 0001 | MTC-00029005
Alvarez, Grace | 0001 | MTC-00020277
Alvarez, Zoe | 0001 | MTC-00012432
Alvarez, Zoe | 0001 | MTC-00029162
Alvaro, Timothy | 0001 | MTC-00025567
Alverson, Ken | 0001 | MTC-00000574
Alway, Vern | 0001 | MTC-00026722
Amacher, Lois | 0001 | MTC-00029064
Ambrose, Tim | 0001 | MTC-00001307
Ambrose, Tim | 0001 | MTC-00004247
Ament, Werner | 0001 | MTC-00013817
Ames, Joannie | 0001 | MTC-00011831
amiller26cearthlink.net | 0001 | MTC-00024283
Amin, Johann | 0001 | MTC-00003353
Amino, Joan | 0001 | MTC-00006388
Amirault, Christine | 0001 | MTC-00020785
Amirault, Christine | 0002 | MTC-00032451
Ammer, Otto | 0001 | MTC-00010640
AMNM1950@ aol.com | 0001 | MTC-00014336
Amoroso, Jim | 0001 | MTC-00009892
Anders, Margaret | 0001 | MTC-00013518
Andersen, Richard and Sondra | 0001 | MTC-00023163
Andersen, Richard and Sondra | 0001 | MTC-00025668
Andersen, Robert | 0001 | MTC-00005628
Andersen, Tom | 0001 | MTC-00006208
Anderson, Allen | 0001 | MTC-00005956
Anderson, Alva | 0004 | MTC-00002910
Anderson, Billy | 0001 | MTC-00022978
Anderson, Bregg | 0001 | MTC-00032089
Anderson, Dale | 0002 | MTC-00032368
Anderson, David | 0001 | MTC-00032671
Anderson, Dexter | 0002 | MTC-00008591
Anderson, Eric | 0001 | MTC-00014100
Anderson, Erik | 0001 | MTC-00019954
Anderson, Erwin | 0001 | MTC-00007415
Anderson, Gayle | 0001 | MTC-00021732
Anderson, Harold | 0001 | MTC-00027960
Anderson, Jon | 0001 | MTC-00026610
Anderson, Ken | 0001 | MTC-00006221
Anderson, Larry | 0001 | MTC-00023496
Anderson, Margaret | 0001 | MTC-00025926
Anderson, Michael | 0002 | MTC-00011280
Anderson, Paul | 0001 | MTC-00023073
Anderson, Ralph | 0001 | MTC-00009270
Anderson, Robert | 0001 | MTC-00029504
Anderson, Roger K. | 0001 | MTC-00023729
Anderson, Terry C. | 0001 | MTC-00028209
Anding, Joe | 0002 | MTC-00015272
Andrako, John | 0001 | MTC-00021874
Andrako, Wanda | 0001 | MTC-00021855
Andreen, Gilbert | 0001 | MTC-00029020
Andres, Al | 0010 | MTC-00002931
Andres, Al | 0011 | MTC-00003147
Andrews, Bob | 0002 | MTC-00005181
Andrews, Donald | 0001 | MTC-00032951
Andrews, John | 0001 | MTC-00023744
Andrews, Ken | 0001 | MTC-00007580
Andrus, Harold R., Jr. | 0002 | MTC-00030058
Ang, Edith | 0001 | MTC-00025780
Angal, Charlie | 0001 | MTC-00022019
Angelin, Bruno | 0001 | MTC-00000515
Angelin, Bruno | 0001 | MTC-00032254
Anglin, Jonathan B. | 0001 | MTC-00016734
ANGLMARIAH@ aol.com | 0001 | MTC-00008789
Angrisano, Robert | 0001 | MTC-00007610
Anguall, Maurice | 0002 | MTC-00033083
Anguiano, Lupe | 0001 | MTC-00024747
Annalisa-Secure Store | 0001 | MTC-00004507
Anne | 0001 | MTC-00007838
Annie | 0001 | MTC-00013891
Annis, Donald J. | 0001 | MTC-00010739
AnnKom@ aol.com | 0001 | MTC-00026120
Anonymous | 0002 | MTC-00023987
Anonymous | 0003 | MTC-00029544
Anonymous | 0003 | MTC-00029545
Anthony Buhler | 0001 | MTC-00019731
Anthony, David | 0001 | MTC-00010050
Anthony, James | 0001 | MTC-00011219
Anthony, Kelly K. | 0001 | MTC-00027898
Anthony, Zach | 0002 | MTC-00004911
Antlitz, Mark J. | 0001 | MTC-00027923
Anton, Tony | 0001 | MTC-00000013
Antonacci, David | 0002 | MTC-00018680
Antunes, Karen | 0001 | MTC-00013517
apace27@ juno.com | 0001 | MTC-00017326
Apour, Steven | 0001 | MTC-00029530
Appel, John | 0002 | MTC-00033308
Appel, Robert | 0001 | MTC-00023475
Appell, Allen | 0001 | MTC-00022083
Appell, Allen | 0001 | MTC-00013860
Apple, Stephen | 0002 | MTC-00032232
Applestinx@ aol.com | 0001 | MTC-00006810
Aps42616@ aol.com | 0001 | MTC-00027271
Arakelian, Greg | 0001 | MTC-00029202
Araki, Marla | 0002 | MTC-00010277
Arana, Javier | 0001 | MTC-00006249
Arbtin, Amanda | 0001 | MTC-00012465
Arbtin, Chellsea | 0001 | MTC-00012477
Arbtin, Curt | 0001 | MTC-00012464
Arbtin, Michaela | 0001 | MTC-00012478
Arbtin, Theresa | 0001 | MTC-00012467
Arbtin, Thomas | 0001 | MTC-00012463
Arcaro, Vince | 0001 | MTC-00017233
Arceneaux, Marie | 0001 | MTC-00013244
ARcher, CT | 0001 | MTC-00020310
Archer, William | 0001 | MTC-00022337
Arenaro, Richard | 0001 | MTC-00024124
argruber@ juno.com | 0001 | MTC-00028176
Argumedo, Sue | 0001 | MTC-00006218
Arkfeld, Frank | 0002 | MTC-00030950
Armen | 0001 | MTC-00028279
Armstrong, Jason | 0001 | MTC-00016722
Armstrong, Sanda | 0001 | MTC-00008269
Arnold, Betty | 0001 | MTC-00021613
Arnold, Charles | 0002 | MTC-00033290
Arnold, Dorman | 0002 | MTC-00033186
Arnold, John | 0003 | MTC-00008178
Arnold, Oliver | 0001 | MTC-00012208
Arnold, Virginia | 0001 | MTC-00033009
Arnstein, James | 0001 | MTC-00007338
Arral, Shawn | 0001 | MTC-00017162
ART1300@ webtv.net | 0001 | MTC-00012147
arthurguay | 0001 | MTC-00025079
arthurguay | 0001 | MTC-00025114
Arundell, Brian | 0001 | MTC-00003106
Arya, Kunal | 0002 | MTC-00014810
aryasara | 0001 | MTC-00012136
Asbahr, Jason | 0001 | MTC-00012781
Aseltine, Evelyn | 0001 | MTC-00012364
Ash | 0001 | MTC-00000138
Ashby, R. Barry | 0001 | MTC-00030715
Ashley, Greg | 0001 | MTC-00032994
Askman, Victor | 0001 | MTC-00022779
Aspinall, Neal | 0001 | MTC-00021072
Astrom, Kenth | 0001 | MTC-00005285
AT0111211@ aol.com | 0001 | MTC-00008985
Atanasio, Irma | 0001 | MTC-00021206
Atchison, Clarence | 0001 | MTC-00032944
Atkinson, Dan | 0001 | MTC-00026864
AToll1211@ aol.com | 0001 | MTC-00012025
Attaway, James | 0001 | MTC-00022411
Atwood, Lorna | 0001 | MTC-00020725
Au, Peter | 0001 | MTC-00026623
Augenstein, Rob | 0001 | MTC-00012573
Augerstein, Rob | 0002 | MTC-00008151
Aull, Luther | 0001 | MTC-00025431
Aumack, Carol | 0001 | MTC-00014451
Ausley, Jody | 0002 | MTC-00032331
Austin, C. | 0001 | MTC-00011975
Austin, Michael | 0001 | MTC-00022314
Austin, Robert | 0001 | MTC-00012958
Austraw, James D. | 0001 | MTC-00012348
Auth, Patrick | 0001 | MTC-00009862
Authier, Ronald G. | 0001 | MTC-00012131
AVCS | 0001 | MTC-00009792
Avena, Craig | 0001 | MTC-00011406
Aveni, Thomas | 0001 | MTC-00022081
Averett, Gene | 0001 | MTC-00011086
Averill, Ron | 0001 | MTC-00032976
Avey, Guy | 0001 | MTC-00006853
Avis, Melodie | 0001 | MTC-00033168
Axton, Sam | 0001 | MTC-00028765
Ayers, Edward J. | 0001 | MTC-00020262
Ayers, Janis | 0001 | MTC-00023387
Ayre, Henry | 0001 | MTC-00032841
Azzolina, Phil | 0001 | MTC-00024896
B'Hymer, Clayton | 0001 | MTC-00006956
Babbitt, Jerry | 0001 | MTC-00022702
Babich, Thomas | 0001 | MTC-00020644
Babock, James | 0001 | MTC-00033137
Bachleda, David | 0001 | MTC-00014877
Bachmann, Andrew | 0002 | MTC-00009085
Backman, Ron | 0001 | MTC-00023917
Backus, Walter | 0001 | MTC-00025443
Badger, Albert A. | 0001 | MTC-00003928
Badin, Capucine | 0001 | MTC-00000683
Baecher, Elizabeth R. | 0001 | MTC-00007820
Bagbey, Francis | 0002 | MTC-00033255
Baghaii, Sepideh | 0001 | MTC-00032698
Bagnell, Byron | 0001 | MTC-00020768
Bahn, Charles | 0001 | MTC-00020945
Bailey, Bettye | 0001 | MTC-00028966
Bailey, Jocelynn | 0001 | MTC-00021935
Bailey, Jocelynn | 0001 | MTC-00011742
bailey, Phil | 0001 | MTC-00007541
Bailey, Ron | 0001 | MTC-00021033
Bailey, Sandra | 0001 | MTC-00011909
Baird, Ann | 0001 | MTC-00029503
Baird, Earle J. | 0001 | MTC-00006332
Baird, Howard | 0001 | MTC-00013270
Baird, Stanley | 0001 | MTC-00021485
Bairnsfather, Andrew C. | 0004 | MTC-00009519
Baitinger, John | 0001 | MTC-00010085
Baitinger, John sr. | 0001 | MTC-00032548
Baker, Bill | 0001 | MTC-00021580
Baker, Charles | 0001 | MTC-00032681
Baker, Fred | 0001 | MTC-00017674
Baker, Jack | 0001 | MTC-00020164
Baker, Jacob | 0002 | MTC-00032154
Baker, John | 0001 | MTC-00013652
Baker, Kelly | 0001 | MTC-00011723
Baker, Linda | 0001 | MTC-00027117
Baker, Mary | 0001 | MTC-00012951
Baker, Paul | 0001 | MTC-00020973
Baker, Ron | 0001 | MTC-00025217
Baker, Timothy B. | 0001 | MTC-00012344
Bakes, David | 0001 | MTC-00012565
Bakhaus, Robert | 0002 | MTC-00032878
Balanesi, Teresa | 0001 | MTC-00023564
Baldwin, Lloyd | 0001 | MTC-00020418
Baldwin, Newell | 0001 | MTC-00022415
Bale, Dwight | 0001 | MTC-00004249
Bales, Donald W. | 0001 | MTC-00021118
Bali, Pawan | 0001 | MTC-00010991
Balke, Bob | 0001 | MTC-00006136
Ball, Barbara | 0001 | MTC-00009369
Ball, Barbara | 0001 | MTC-00009367
Ball, Barbara I | 0001 | MTC-00033623
Ball, Francesca | 0001 | MTC-00008959
Ball, Jerry | 0001 | MTC-00022603
Ballard, John | 0001 | MTC-00012435
Ballard, Scot | 0001 | MTC-00025258
Ballesteros, Humberto | 0001 | MTC-00014117
Ballin, Matthew | 0001 | MTC-00008175
Balter, Craig | 0001 | MTC-00011839
Balzer, Ben and Jane | 0001 | MTC-00026214
Bankenbush, Frank | 0001 | MTC-00009289
Banks, Debra L. | 0001 | MTC-00028750
Bannan, Joe and Betty | 0001 | MTC-00025954
Bannon, Stephen J. | 0001 | MTC-00009619
Baptist, Debra | 0001 | MTC-00013732
Baqueiro, Alfonso | 0001 | MTC-00004879
Barattucci, Marie | 0001 | MTC-00027289
Barb, C. E. | 0001 | MTC-00029627
Barber, Alvin | 0002 | MTC-00033106
Barcelona, Martin | 0001 | MTC-00025754
Bardal, Harry | 0001 | MTC-00002016
Bardl, Harry | 0002 | MTC-00010282
Barfoot, James | 0001 | MTC-00032988
Barge, Joe | 0001 | MTC-00003658
Bargiel, Ryszard | 0001 | MTC-00023807
Barholomew, Constance | 0001 | MTC-00012503
Barlow, Jim | 0002 | MTC-00019820
Barnard, Tom | 0001 | MTC-00011451
Barnes, Robert | 0001 | MTC-00012486
Barnett, Jeryl | 0001 | MTC-00028414
Barney, Jack | 0001 | MTC-00027485
barney@ kaarmls.com | 0001 | MTC-00024246
Barnhart, Robert | 0001 | MTC-00026644
Barnum, Sam | 0001 | MTC-00001255
barny.lesley@ jandmmortgage.com | 0001 | MTC-00017333
Barr, Joe | 0001 | MTC-00010938
Barreiro, Marcelo | 0001 | MTC-00008965
Barret, Erwan | 0001 | MTC-00020436
Barrett, Charles | 0001 | MTC-00012057
Barrett, Damien | 0001 | MTC-00027004
Barrett, Jesse | 0001 | MTC-00022758
Barrett, Myrna M. | 0001 | MTC-00026537
Barrington, William | 0001 | MTC-00032904
Barrs, Al | 0001 | MTC-00016417
Barry, Edward L. | 0001 | MTC-00012130
barrydbloom@ hotmail.com | 0001 | MTC-00024793
Barson, Richard | 0001 | MTC-00017776
Barstow, Alix | 0001 | MTC-00029280
Bartels, Willliam | 0001 | MTC-00022575
Barth, Geo | 0001 | MTC-00023198
Barth, Paul F. | 0001 | MTC-00012417
Bartilson, Roger | 0001 | MTC-00032765
Bartlett, Avery | 0001 | MTC-00024904
Bartlett, David | 0001 | MTC-00032828
Bartley, Nelson | 0001 | MTC-00022059
Barto, David | 0001 | MTC-00013339
Barton, Pam | 0002 | MTC-00033093
Barton, Ray | 0002 | MTC-00033094
Barton, Richard | 0001 | MTC-00029441
Bartucci, John | 0001 | MTC-00011533
Bartucz, Tanya | 0001 | MTC-00028699
Bartz, Bill R. | 0001 | MTC-00025994
Barzal, Walter | 0001 | MTC-00007406
Basista, Shirley | 0001 | MTC-00024508
Baska, Lezlie | 0001 | MTC-00013258
Baska, Lezlie | 0001 | MTC-00009807
Bass, Jack | 0001 | MTC-00012700
Bass, Tay | 0001 | MTC-00004258
Baston, Darcy | 0001 | MTC-00013328
Batdorf, Linda | 0001 | MTC-00012960
Batdorf, Linda | 0001 | MTC-00021685
Bates, Joe | 0001 | MTC-00021702
Bates, John | 0001 | MTC-00006025
Bates, Shirley | 0001 | MTC-00026983
Bates, Simmon | 0001 | MTC-00027623
Batson, Marguarite | 0001 | MTC-00008627
Battrick, Dennis | 0001 | MTC-00011925
Bauer, Raymond | 0002 | MTC-00032510
Bauman, Frederick | 0001 | MTC-00027084
Baumann, James | 0001 | MTC-00020437
Baumbaugh, Barry | 0001 | MTC-00011277
Baumgartner, Brian | 0002 | MTC-00032833
Bausinger, Oliver | 0001 | MTC-00004914
Baxter, Michael | 0001 | MTC-00000839
Bayer, Jeff | 0001 | MTC-00028143
Bayly, Andrew | 0002 | MTC-00001972
bboam@ infowest.com | 0001 | MTC-00028435
Bcook10707@ aol.com | 0002 | MTC-00027361
bcschnabel@ juno.com | 0001 | MTC-00010928
bcyburt@ acromag.com | 0001 | MTC-00024288
bdog@ emptychair.net | 0001 | MTC-00010934
Beales, J. | 0001 | MTC-00006962
Beall, Gus | 0001 | MTC-00032647
Beals, John D. | 0001 | MTC-00012974
Beam, Harold | 0001 | MTC-00032863
Beam, Jim | 0001 | MTC-00015191
Beaman, Arthur | 0002 | MTC-00033231
Bean, Richard C. | 0001 | MTC-00008075
Bean, Sonnia | 0002 | MTC-00033179
Beard, Kelly | 0001 | MTC-00018774
Beasley, David | 0001 | MTC-00025574
Beasley, John | 0001 | MTC-00012240
Beatie, Chuck | 0001 | MTC-00011887
Beatson, David | 0001 | MTC-00010779
Beatty, David | 0001 | MTC-00032836
Bebirian, Walter Paul | 0002 | MTC-00011192
Beck, David | 0001 | MTC-00029060
Beck, Gary P. | 0001 | MTC-00008768
Beck, Gary P. | 0001 | MTC-00010124
Becker, Charles | 0001 | MTC-00022362
Becker, Milton | 0002 | MTC-00032532
Becker, Rick | 0001 | MTC-00007631
Beckman, Alexander | 0001 | MTC-00032642
Beckner, Harry | 0001 | MTC-00032930
Beddoe, Clark | 0001 | MTC-00021030
Beebe, Jim | 0001 | MTC-00007787
Beecher, Graciela | 0001 | MTC-00011514
Beecroft, Mark | 0001 | MTC-00009999
Beem, Randy | 0001 | MTC-00025947
Beers, Dave | 0002 | MTC-00024915
Begley, Robert | 0001 | MTC-00009840
Behrens, Dennis | 0001 | MTC-00032612
Behrens, Steven | 0001 | MTC-00003283
Behrman, Barry | 0001 | MTC-00006015
Beik, Bela | 0001 | MTC-00013065
Beitzel, Jeff | 0002 | MTC-00028998
Bek, Beri | 0001 | MTC-00009417
Belcea, Maria | 0001 | MTC-00026999
Belcher, Michael | 0002 | MTC-00032200
Belcher, Michael | 0002 | MTC-00032419
Belfiore, Al | 0001 | MTC-00021621
Bell, Chuck | 0001 | MTC-00006442
Bell, Kathryn | 0001 | MTC-00023184
Bell, Kathryn | 0002 | MTC-00033240
Bell, Robert | 0001 | MTC-00013169
Bell, Tom | 0001 | MTC-00013327
Belles, Zerbin | 0001 | MTC-00029168
Bellina, Charles | 0001 | MTC-00014394
Bello, Ernie | 0001 | MTC-00011089
bemlmorrow@ erols.com | 0001 | MTC-00024264
Benander, David | 0001 | MTC-00009786
Bender, Ryan | 0001 | MTC-00029262
bengroes@ mindspring.com | 0001 | MTC-00000587
Benington, Robert | 0002 | MTC-00000201
Benison, Orna | 0001 | MTC-00032924
Benner, Paul | 0002 | MTC-00009600
Benner, Paula | 0002 | MTC-00032427
Bennett, James R. | 0001 | MTC-00013668
Bennett, Robert | 0001 | MTC-00024936
Bennett, Sam | 0018 | MTC-00000298
Benningfield, John | 0001 | MTC-00032704
benright@ alvertive.com | 0001 | MTC-00011921
benrwhick@ juno.com | 0001 | MTC-00010378
Benshoof, Terry | 0001 | MTC-00004092
Benshoof, Terry | 0001 | MTC-00006993
Benson, Bartley | 0001 | MTC-00012519
Benson, Harry | 0001 | MTC-00022409
Benson, Paul | 0004 | MTC-00010000
Benton, Carol | 0001 | MTC-00011853
Bentrager, Sharon | 0001 | MTC-00026570
ben—dixon@ email.msn.com | 0001 | MTC-00028102
Berejka, Tony | 0001 | MTC-00006919
Berenson, Harold | 0001 | MTC-00010596
Berenson, Harold | 0002 | MTC-00032150
Berg, Jeffery | 0001 | MTC-00010029
Berg, Robert | 0001 | MTC-00026014
Berg, Rosalind | 0001 | MTC-00012347
Berger | 0001 | MTC-00009268
Berger, R.F. | 0001 | MTC-00000444
Berger, Richard Z. | 0001 | MTC-00009984
Berger, Thomas | 0002 | MTC-00002030
Berghorn, CW | 0001 | MTC-00033165
Bergman, David | 0001 | MTC-00003530
Berk, Elizabeth | 0001 | MTC-00031668
Berkland, David | 0001 | MTC-00011396
Berlemeier, George A & Millie C | 0001 | MTC-00010657
Bermerder, Daniel | 0001 | MTC-00010815
Bernal, Richard | 0001 | MTC-00011105
Bernard, H. | 0001 | MTC-00012132
Bernard702@ aol.com | 0001 | MTC-00019397
Bernauer, Donovan | 0001 | MTC-00004543
Bernhardt, Thomas | 0001 | MTC-00013317
Bernstein, Andrew | 0001 | MTC-00014424
Bernstein, Joe | 0001 | MTC-00013468
Berrett, Melanie | 0001 | MTC-00032815
Berrier, Gary | 0001 | MTC-00022290
Berry, David | 0002 | MTC-00008196
Berry, Jean | 0001 | MTC-00020537
Berry, Louis | 0001 | MTC-00021464
Berryman, Steve | 0001 | MTC-00010116
Berstler, Walt | 0001 | MTC-00015756
Berthold, Anina | 0001 | MTC-00012507
Berthomier, Lionel | 0001 | MTC-00004811
Bertles, William | 0001 | MTC-00032779
Bertsch, Brian | 0001 | MTC-00019474
Besedick, Stephen | 0001 | MTC-00001207
Best Source of Internet Traffic | 0003 | MTC-00019365
Best, Dale | 0001 | MTC-00011844
Best, Raymond | 0001 | MTC-00012324
Best, Raymond | 0001 | MTC-00029100
Bestwick, Warren | 0002 | MTC-00033201
Betcher, Nick | 0001 | MTC-00017873
Bethel, William | 0001 | MTC-00009386
Bettin, Linda M. | 0001 | MTC-00012394
Bev | 0001 | MTC-00006228
Beveridge, John | 0001 | MTC-00019651
bevnels@ juno.com | 0001 | MTC-00007741
Beyer, John C. | 0001 | MTC-00012872
Beyer, Joseph | 0001 | MTC-00029390
Bhatti, Raj | 0001 | MTC-00010941
Bhatti, Yashua | 0001 | MTC-00027930
Biagioli, Todd | 0001 | MTC-00013735
Bialek, Fred | 0002 | MTC-00033126
Bickle, Don cookay | 0001 | MTC-00029497
Bickley, Elinor | 0001 | MTC-00026354
Bickmeyer, Mark | 0001 | MTC-00019848
Bicknell, William | 0001 | MTC-00024767
Biddle, Drucilla | 0001 | MTC-00013523
Bielby, Danny O. | 0001 | MTC-00028666
Bigelow, Scott | 0001 | MTC-00003005
Biggs, Charles R. | 0002 | MTC-00014130
Bigler, Jan | 0001 | MTC-00023054
bigred743@ starbnd.net | 0001 | MTC-00014328
Bihler, Kua | 0001 | MTC-00014868
bikesarelife@ yahoo.com | 0001 | MTC-00016031
Binns, David | 0001 | MTC-00014420
Bintz, John | 0002 | MTC-00010570
BIOLABTECO@ aol.com | 0001 | MTC-00033366
Bird, William | 0001 | MTC-00004952
Birdsall, Elsie M. | 0001 | MTC-00011976
Bires, Tom | 0001 | MTC-00012034
Birtz, Alain | 0001 | MTC-00013394
Bishop, Jack | 0001 | MTC-00021142
Bishop, LJ | 0001 | MTC-00010023
Bishop, Robert | 0001 | MTC-00023380
Bishop, Sheryl | 0001 | MTC-00010153
Bisogno, Rocky | 0001 | MTC-00032975
Bittel, Francis | 0002 | MTC-00032514
Bittinger, Trevor | 0001 | MTC-00020299
Bivens, Alfred | 0002 | MTC-00033225
Bixler, John | 0001 | MTC-00010020
Biz, Tony | 0002 | MTC-00028032
bjacoby@ aol.com | 0001 | MTC-00014535
bjidzik@ usdoj.gov | 0001 | MTC-00029129
bkeller@ calibresys.com | 0001 | MTC-00024765
Bkert0711@ aol.com | 0001 | MTC-00017269
Black, Delbert | 0001 | MTC-00007501
Black, Marie | 0001 | MTC-00021605
Black, Randy | 0001 | MTC-00009176
Black, Steve | 0005 | MTC-00027506
Blackburn, Ann | 0001 | MTC-00026449
Blackburn, John | 0001 | MTC-00024069
Blackburn, Norm | 0001 | MTC-00021809
Blackford, Rick | 0001 | MTC-00006032
Blaes, Mark | 0002 | MTC-00019647
Blanchard, Hollis | 0001 | MTC-00003405
Blanchard, Trina | 0001 | MTC-00020499
Blankenship, Bill | 0001 | MTC-00013100
Blanks, David | 0001 | MTC-00007530
Blanpied, Orrilla | 0001 | MTC-00008571
Blant, Chris | 0001 | MTC-00022589
Blanton, Gosman | 0001 | MTC-00009372
Blaser, Britt | 0001 | MTC-00033624
Blasingame, Don | 0001 | MTC-00009988
Blau, Robert | 0001 | MTC-00023094
Bletzinger, Peter | 0001 | MTC-00001362
Blevins, Barbara | 0001 | MTC-00013236
Blevins, Susan | 0001 | MTC-00012169
Bliss, Alison | 0001 | MTC-00021737
Blissitt, Gail | 0001 | MTC-00026646
Blockland, Gary | 0001 | MTC-00013513
blomsoy@ harborside.com | 0001 | MTC-00024811
Blondeau, Leroy | 0001 | MTC-00020782
Bloom, Larry | 0001 | MTC-00028537
Bloom, Rex | 0001 | MTC-00007436
Bloyer, W. Robert | 0002 | MTC-00033211
BLS | 0001 | MTC-00003431
Blum, Lionel | 0001 | MTC-00020607
Blumling, May Lou | 0001 | MTC-00022610
Blunt, Gary | 0001 | MTC-00010094
blw50@ juno.com | 0001 | MTC-00010884
Blyth, garrett Arch | 0001 | MTC-00019476
BMccole9@ aol.com | 0001 | MTC-00014226
bnicholl@ sprynet.com | 0001 | MTC-00013841
bob-c3@ juno.com | 0001 | MTC-00011126
Bob.Typo.ITU@ juno.com | 0001 | MTC-00010493
bobal125@ hotmail.com | 0001 | MTC-00028138
Bobbo, Barg | 0001 | MTC-00005576
Bobbs, Bradley | 0001 | MTC-00006355
bobfinnie1@ juno.com | 0001 | MTC-00011133
bobj@ msn.com | 0001 | MTC-00001421
bobnaomi@ juno.com | 0001 | MTC-00024770
BOBNVI@ aol.com | 0001 | MTC-00009871
Bobrow, Ann | 0001 | MTC-00009234
Bochantin, Leona | 0001 | MTC-00032561
Bock, Delbert | 0001 | MTC-00032748
Bock, Harvey | 0001 | MTC-00020460
Bode, Agnes | 0002 | MTC-00033148
Bode, Jim | 0001 | MTC-00003974
Boden, Al | 0001 | MTC-00008092
Bodenhammer, Lee | 0001 | MTC-00021439
Bodenstab, Mark H. | 0001 | MTC-00031219
Bodey, Hugh | 0001 | MTC-00021838
Bodhan, Khush | 0001 | MTC-00005732
Bodnar, Julie | 0001 | MTC-00012961
Boehstein, Joe | 0002 | MTC-00033112
Boesken, Richard | 0001 | MTC-00013237
Bogard, Leonard | 0001 | MTC-00012977
Bogdan, Stephen | 0001 | MTC-00029055
Boggs, Christopher | 0001 | MTC-00032852
Bohnem, Frank | 0001 | MTC-00011055
Bolbee, David | 0001 | MTC-00007756
Bolch, Georg | 0001 | MTC-00010793
Bolch, Georg | 0001 | MTC-00010981
Bolden, Eric | 0001 | MTC-00017583
Boler, LArry | 0001 | MTC-00022131
Bolin, James | 0001 | MTC-00013658
Bolser, Susan | 0001 | MTC-00022248
Bolstad, Donna | 0001 | MTC-00013520
Bolt, Jerome | 0001 | MTC-00020528
Bolt, Jerome | 0002 | MTC-00032145
Bolton, Dwight | 0001 | MTC-00024889
Bolton, Eileen | 0002 | MTC-00033050
Boman, Richard W. | 0001 | MTC-00002192
Bombs@ aol.com | 0001 | MTC-00004966
Bona, Joseph | 0001 | MTC-00030736
Bond, Jack | 0001 | MTC-00011020
bone@ apex.net | 0001 | MTC-00028123
Bonfoey, Steve | 0001 | MTC-00028793
Bongers, Alex | 0001 | MTC-00014919
Bonham, Daniel | 0002 | MTC-00032218
Boni, Sandra | 0001 | MTC-00023667
Bonifay, Kurt Sr. | 0001 | MTC-00012333
Bonk, Sue | 0001 | MTC-00012036
Bonney, Lee | 0001 | MTC-00023574
Bonow, Jessy | 0001 | MTC-00010749
Book, Patricia | 0001 | MTC-00011362
Booker, Ryan | 0001 | MTC-00019637
Bookspan, Elizabeth | 0001 | MTC-00032552
Boone, James | 0001 | MTC-00021516
Boone, Linda | 0001 | MTC-00010049
Boonstra, Charles | 0002 | MTC-00033323
Boop Collectibles | 0001 | MTC-00025468
Boopster2626@ aol.com | 0001 | MTC-00011719
Boothby, Bob | 0002 | MTC-00033371
Boots, Clifton | 0001 | MTC-00022327
Boranko, John | 0001 | MTC-00020968
Borcherdt, Wendy | 0001 | MTC-00021053
Boreck, Chet | 0002 | MTC-0033227
Borg, William | 0004 | MTC-00004255
Borgen, Paul | 0001 | MTC-00032936
Borgerding, Ken | 0001 | MTC-00013946
Borges, John D. | 0001 | MTC-00032818
Borie, Rick | 0001 | MTC-00013934
Bortoluzzi, Daniele | 0001 | MTC-00002981
Borton, Phil | 0001 | MTC-00022908
Borys, Raymond | 0001 | MTC-00029529
Bossbach, Shirley | 0001 | MTC-00032759
Bosscher, David | 0002 | MTC-00033028
Boston, Miriam | 0001 | MTC-00022609
Bosworth, Dave | 0001 | MTC-00008837
Bosworth, Michael | 0001 | MTC-00012291
Botkin, Don | 0002 | MTC-00032303
Botsford, Sherwood | 0002 | MTC-00002891
Bottle, Bill | 0001 | MTC-00023274
Bottorff, Sandra | 0001 | MTC-00029173
Bottorff, Sandra | 0001 | MTC-00009381
Botts, James | 0001 | MTC-00013978
Botts, James W. | 0001 | MTC-00005295
Bound, Belize | 0001 | MTC-00005744
Boura, Malcolm | 0001 | MTC-00027588
Bourgeois, Carol | 0002 | MTC-00011939
Bourke, Matthew | 0001 | MTC-00002987
Bouse, Jim | 0001 | MTC-00019980
Bouton, Steve | 0001 | MTC-00014114
Bowen, Glenda | 0001 | MTC-00012981
Bower, Brad | 0001 | MTC-00013571
Bower, John | 0001 | MTC-00010178
Bowersox, B. Richard | 0001 | MTC-00012070
Bowker, Bill | 0002 | MTC-00020075
Bowler, Don | 0001 | MTC-00009478
Bowler, Vince | 0001 | MTC-00010015
Bowling, Anthony | 0001 | MTC-00022297
Bowling, Ron | 0001 | MTC-00021151
Bowlsby, Glenn | 0001 | MTC-00003083
Bowman, JC | 0003 | MTC-00010076
Bowman, John | 0001 | MTC-00012957
Bowman, John | 0001 | MTC-00014353
Bowman, Paul | 0001 | MTC-00012674
Bowser, Roger | 0001 | MTC-00009911
Boyd, Andrew | 0001 | MTC-00020778
Boyd, Andrew | 0002 | MTC-00032222
Boyd, Bruce | 0002 | MTC-00032255
Boyd, Charles | 0001 | MTC-00029457
Boyd, James | 0001 | MTC-00013728
Boyd, Joyce | 0001 | MTC-00014834
Boyd, Mary | 0001 | MTC-00021515
Boyd, Wes | 0001 | MTC-00008251
Boyette, Charles | 0002 | MTC-00032275
Boyette, Charles | 0002 | MTC-00032506
Boyle, Charles | 0001 | MTC-00029236
Bozin, Vince | 0001 | MTC-00020946
Bplshnre@ cs.com | 0001 | MTC-00008290
Braasovan, Jane | 0001 | MTC-00025957
Brace, Jerry | 0001 | MTC-00022277
Bracken, William | 0001 | MTC-00026170
Bradet, Francois | 0001 | MTC-00017059
Bradford, Gerald and Hazel | 0001 | MTC-00021529
Bradley, Andrew | 0001 | MTC-00013441
Bradley, Frank | 0001 | MTC-00012985
Bradley, Karen | 0001 | MTC-00007343
Bradley, Vernon | 0001 | MTC-00006398
Bradley, Vince | 0001 | MTC-00027534
Bradley, Vince | 0001 | MTC-00033572
Brady, Jack | 0001 | MTC-00023898
Brady, Jack | 0001 | MTC-00033388
Brady, John Sr. | 0001 | MTC-00012308
Brady, Robert | 0001 | MTC-00007872
Brager, Diana | 0002 | MTC-00018772
Braiger, Marilyn | 0001 | MTC-00025982
Brajkovic, John | 0002 | MTC-00029468
braly, Charles | 0001 | MTC-00032762
Braly, James | 0001 | MTC-00032846
Braly, Rachel | 0001 | MTC-00032972
Bramwell, Scott | 0001 | MTC-00029216
Brand, Cynthia | 0001 | MTC-00024163
Brandenburg, Bob | 0001 | MTC-00007302
Brandon, Richard | 0001 | MTC-00029116
Brandyrd@ aol.com | 0001 | MTC-00009494
Brantingham, Jeanne | 0002 | MTC-00032173
Brantley, Paul | 0001 | MTC-00015196
Branton, Russell | 0001 | MTC-00013352
Braswell, Carolyn | 0001 | MTC-00006480
Bratton, Erich | 0001 | MTC-00016301
Brauchler, Kenneth | 0002 | MTC-00002245
Brauer, Elden | 0001 | MTC-00020783
Braun, Carl | 0001 | MTC-00022755
Braun, Eric | 0001 | MTC-00020891
Braun, Warren | 0001 | MTC-00023296
Bray, R | 0001 | MTC-00013114
Brazil, Frank | 0001 | MTC-00029470
Brazil, Philip | 0001 | MTC-00029405
Brazzi, Ross | 0001 | MTC-00027590
Brence, Cher | 0001 | MTC-00026019
Brence, Philo | 0001 | MTC-00023082
Brendan | 0001 | MTC-00019390
Brendsel, Richard | 0001 | MTC-00024198
Breneman, Janet | 0001 | MTC-00012649
Brennan, Jim | 0001 | MTC-00022251
Brenner, Harold | 0002 | MTC-00033037
Brent, Brent | 0001 | MTC-00023718
Brents, Jim | 0001 | MTC-00009821
Bresett, Norman | 0001 | MTC-00032743
Breton, Mark | 0001 | MTC-00009545
Bretschneider, Richard | 0001 | MTC-00016617
Brewer, Cleo | 0001 | MTC-00022527
Brewer, Gregory | 0001 | MTC-00010847
Breyer, John | 0001 | MTC-00007224
Breza, Edward | 0001 | MTC-00013011
Brian, Brent | 0001 | MTC-00004893
Bricker, Michael | 0001 | MTC-00006181
Briden, Shirley | 0001 | MTC-00032717
Bridge, Jeffrey | 0001 | MTC-00016690
brigebrite@ aol.com | 0001 | MTC-00000957
Briggs, James | 0001 | MTC-00020494
Briggs, Joseph | 0001 | MTC-00028253
Brigham, Don | 0001 | MTC-00010038
Bright, Keith and Jane | 0001 | MTC-00009135
Briley, Lloyd | 0001 | MTC-00013959
Brinke, Jerry | 0001 | MTC-00026052
Brisolara, A | 0001 | MTC-00012047
Brisolara, A. | 0001 | MTC-00007523
Brister, Madison and Judy | 0001 | MTC-00023069
Brittain, Pat | 0001 | MTC-00008613
Broaddus, Jack | 0001 | MTC-00013882
Broberg, Ronald | 0001 | MTC-00005853
Brock, Matthew | 0002 | MTC-00023169
Brockerman, Steve | 0003 | MTC-00031949
Brockington, Ann | 0001 | MTC-00019456
Brockway, Greg | 0001 | MTC-00028943
Brodnax, Bruce | 0001 | MTC-00022606
Broidy, N | 0001 | MTC-00011848
Bromley, Matthew | 0001 | MTC-00027615
Bronger, John | 0001 | MTC-00009462
Bronson, Boyd | 0001 | MTC-00029539
Bronton, Anre | 0001 | MTC-00008754
Brooks, Brad | 0001 | MTC-00004480
Brooks, Dale | 0001 | MTC-00014041
Brooks, Donna | 0001 | MTC-00021828
Brooks, Donna | 0001 | MTC-00032628
Brooks, Roy | 0001 | MTC-00021808
Brooks, Roy | 0001 | MTC-00021814
Brooks, Scott | 0001 | MTC-00008688
Brophy, Kathryn | 0001 | MTC-00024933
Broscious, Lee | 0001 | MTC-00021218
Brothers, Michael | 0001 | MTC-00006968
Broughton, Dan | 0001 | MTC-00008277
Broumley, Alma | 0001 | MTC-00012941
Broussard, Elizabeth | 0001 | MTC-00012673
Brown, Andrew | 0001 | MTC-00003364
Brown, Charlie | 0001 | MTC-00032718
Brown, Danny | 0002 | MTC-00009432
Brown, Darlene | 0001 | MTC-00026440
Brown, Don | 0001 | MTC-00006672
Brown, Doris | 0001 | MTC-00020486
Brown, Ella | 0001 | MTC-00012453
Brown, Frank | 0001 | MTC-00002543
Brown, George | 0001 | MTC-00029487
Brown, Harold | 0001 | MTC-00012468
Brown, Helen G. | 0001 | MTC-00014013
Brown, Helen G. | 0001 | MTC-00014134
Brown, James | 0001 | MTC-00021766
Brown, Jim | 0002 | MTC-00003794
Brown, Ken | 0001 | MTC-00028725
Brown, Kenneth | 0001 | MTC-00012158
Brown, Laura | 0001 | MTC-00025322
Brown, Lawrence | 0001 | MTC-00013502
Brown, Marshal A. | 0001 | MTC-00011485
Brown, Peter | 0001 | MTC-00009211
Brown, Raymon | 0002 | MTC-00032457
Brown, Ricky | 0001 | MTC-00023321
Brown, Robin | 0001 | MTC-00022056
Brown, Ron | 0001 | MTC-00012586
Brown, Sandra | 0001 | MTC-00012078
Brown, Scott | 0001 | MTC-00022925
Brown, Steven | 0002 | MTC-00032504
Brown, Terry | 0001 | MTC-00008271
Brown, Tom | 0001 | MTC-00015790
Brown, Willis | 0002 | MTC-00032184
Brownbearman@ cs.com | 0001 | MTC-00007645
Browne, Charlie | 0002 | MTC-00032821
Brownell, Rudy and Norma | 0001 | MTC-00000989
Broyles, J. Thomas | 0001 | MTC-00009440
Broyles, Peggy | 0001 | MTC-00030184
Brubaker, Norman | 0002 | MTC-00033259
Brubaker, Richard | 0001 | MTC-00000095
Bruce, Barbara | 0001 | MTC-00021770
Brumett, Bert | 0001 | MTC-00009614
Brumley, James M. | 0002 | MTC-00007110
Brumwell, James | 0001 | MTC-00005086
Brunner, Frank | 0002 | MTC-00033205
Brunner, Josef | 0001 | MTC-00028400
Bruno, Donna | 0001 | MTC-00003529
Brunwin, Herbert | 0001 | MTC-00025952
Bruss, Patrick | 0001 | MTC-00020705
Bruun, Henrik | 0001 | MTC-00010798
Bryan, Bill | 0001 | MTC-00018471
Bryan, Earlene | 0001 | MTC-00029090
Bryant, Barbara | 0001 | MTC-00010622
Bryant, Barbara | 0002 | MTC-00026855
Bryant, Marc | 0001 | MTC-00004575
Bryant, Mike | 0001 | MTC-00006670
Bryant, Ralph | 0001 | MTC-00021602
Bryant, Virgie | 0001 | MTC-00029234
Bryant, William | 0002 | MTC-00032464
Bryart, Steve | 0001 | MTC-00011911
Bryson, ALbert | 0001 | MTC-00029376
bsculp@ juno.com | 0001 | MTC-00026012
bskoehler@ bellsouth.net | 0001 | MTC-00010888
bsteele@ citgo.com | 0001 | MTC-00012549
Bubala, Robert | 0001 | MTC-00012187
Bucha, A. | 0001 | MTC-00020923
Bucher, Chris | 0001 | MTC-00013326
Buck, Joy | 0001 | MTC-00012010
Buck, Thomas | 0001 | MTC-00021100
Buckelen, Bruce | 0015 | MTC-00024074
Buckley, Todd | 0002 | MTC-00029404
Buckley, William F. | 0001 | MTC-00003290
Buckman, Jan | 0001 | MTC-00023233
Bucko, Bill | 0001 | MTC-00014192
Buckowing, Sherry | 0001 | MTC-00000481
Buckstein, Steve | 0001 | MTC-00014392
budspence1@ juno.com | 0001 | MTC-00011127
Buffington, Joseph D. | 0001 | MTC-00020757
Buhanan, Benjamin R. | 0001 | MTC-00009870
Bulkan, Jerome R. | 0001 | MTC-00024849
Bullard, Anthony | 0002 | MTC-00014447
Bullard, Kent | 0001 | MTC-00024137
Bullock, Margaret | 0001 | MTC-00032774
Bullwinkel, Clay | 0002 | MTC-00009233
Bunch, Randall | 0001 | MTC-00022066
Bund, Kenneth | 0001 | MTC-00012087
Bunk, Clara | 0001 | MTC-00014405
Bunney, Rod | 0001 | MTC-00011357
Burch, George | 0001 | MTC-00011582
Burgamy, Barry | 0001 | MTC-00024262
Burgardt, Susan | 0001 | MTC-00020726
Burgdoff, Barbara | 0001 | MTC-00020671
Burger, Chuck | 0001 | MTC-00004294
Burger, Earle | 0001 | MTC-00007327
Burger, Jeffrey | 0001 | MTC-00010741
Burger, Olga | 0001 | MTC-00015857
Burgess, Bruce | 0001 | MTC-00014075
Burgess, Richard | 0001 | MTC-00023634
Burich, Alice | 0002 | MTC-00033067
Burka, Lauren P. | 0001 | MTC-00025235
Burkart, Charles | 0001 | MTC-00032601
Burke, Gem | 0002 | MTC-00012768
Burke, George | 0001 | MTC-00001166
Burke, James | 0001 | MTC-00024077
Burke, Jim | 0001 | MTC-00003961
Burke, Jim | 0001 | MTC-00009119
Burke, Michael | 0002 | MTC-00032482
Burke, Patricia | 0001 | MTC-00009377
Burke, Paul | 0001 | MTC-00011835
Burke, Richard | 0002 | MTC-00032274
Burkland, Christopher | 0001 | MTC-00023482
Burnette, Don | 0001 | MTC-00020647
Burns, Billie | 0001 | MTC-00009512
Burns, Eric and Michele | 0001 | MTC-00012669
Burns, Kenneth | 0001 | MTC-00013671
Burpee, Charles | 0001 | MTC-00032973
Burri, Helmut | 0001 | MTC-00026640
Burri, Helmut Kurt | 0001 | MTC-00000407
Burris, Stanley | 0001 | MTC-00012220
Burris, Tom | 0001 | MTC-00032786
Burt, Kenneth | 0001 | MTC-00025153
Burtch-Farrell, Evangeline | 0001 | MTC-00008563
Burton, Brian | 0002 | MTC-00004382
Burton, Brian | 0002 | MTC-00004828
Burton, Tony | 0001 | MTC-00003414
Burwell, Nancy | 0001 | MTC-00013655
Bush, John | 0001 | MTC-00022981
Bush, Justin | 0001 | MTC-00003033
Bush, Marilyn | 0001 | MTC-00022291
Bush, Mary | 0001 | MTC-00009618
Bush, Wade | 0001 | MTC-00009448
Bushnell, Fred | 0001 | MTC-00007552
Bushnell, Ken | 0001 | MTC-00002813
Butash, Frank | 0001 | MTC-00021723
Butash, Frank | 0001 | MTC-00021718
Butcher, Peter W. | 0001 | MTC-00023098
Butkovich, Rose | 0001 | MTC-00009205
Butler, Ronja | 0001 | MTC-00023654
Butler, Samuel | 0001 | MTC-00032728
Butler, William | 0001 | MTC-00012379
Butlery, George | 0001 | MTC-00032875
Butner, Lynn | 0001 | MTC-00032980
buttons | 0001 | MTC-00025181
Butts, Bruce | 0001 | MTC-00032905
Butts, David | 0001 | MTC-00012991
Buvinghausen, Lori | 0001 | MTC-00020260
Buzbee, Charles | 0001 | MTC-00029000
Buzzanco, James | 0002 | MTC-00008153
bwebs@ attglobal.net | 0001 | MTC-00017285
bweidler | 0001 | MTC-00009193
bwhellock@ adelphlabusiness.net | 0001 | MTC-00014324
Bybee, James | 0001 | MTC-00012622
Byerly, Elizabeth | 0001 | MTC-00018552
Bylington, Gary | 0001 | MTC-00029500
Byne, Harmon | 0001 | MTC-00026419
byne@ home.com | 0001 | MTC-00028141
Byrd, Eric | 0001 | MTC-00017881
BZDZ2@ aol.com | 0001 | MTC-00007528
c777leo@ inetmail-att.net | 0001 | MTC-00000991
Ca;enda, Frank | 0001 | MTC-00024553
Cabins519@ cs.com | 0001 | MTC-00013941
Cable, Alice | 0002 | MTC-00012656
Caccamise, William | 0001 | MTC-00007744
Cadle, Larry S. | 0001 | MTC-00008787
Cady, Bobbi | 0001 | MTC-00028878
Caezar5 | 0001 | MTC-00004677
Cagazzola38@ cs.com | 0001 | MTC-00013107
Caghan, Susan | 0002 | MTC-00027884
Cahill, Lisa | 0001 | MTC-00012234
Caigoy, Laura A. | 0001 | MTC-00029096
Cailor, Joyce | 0001 | MTC-00030835
Cain, Steve | 0001 | MTC-00026586
Caissie, Leo | 0002 | MTC-00033051
cajowomk@ cox-intrtnet.com | 0001 | MTC-00015950
Cake, Arsenio | 0001 | MTC-00012142
Calabrese, Diane | 0001 | MTC-00021800
Calbertson, Thomas W. | 0001 | MTC-00008145
Calder, Madeleine | 0001 | MTC-00032672
Calderone, Joe | 0001 | MTC-00005620
Caldwell, Jim | 0001 | MTC-00014165
Caldwell, Kimberly | 0001 | MTC-00021819
Caldwell, Theodore E. | 0001 | MTC-00011865
Calenda, Frank | 0001 | MTC-00024560
Caless, Daniel E. | 0002 | MTC-00022199
Calitri, Joseph | 0001 | MTC-00021361
Callahan, Sean | 0001 | MTC-00006668
Calle, Diego | 0001 | MTC-00020105
Calvert, Jane and Earnest | 0001 | MTC-00009378
Calvo, Alex | 0001 | MTC-00014215
cambre, Donnie | 0001 | MTC-00015883
Cameron, Jonathan | 0001 | MTC-00021523
Cameron, Philip | 0002 | MTC-00019093
Cameron, Willaim | 0001 | MTC-00021806
Camicia, Harold P. | 0001 | MTC-00012126
Campagna, Tim | 0001 | MTC-00004401
Campanella, Angelo | 0002 | MTC-00009351
Campbell, Anthony | 0001 | MTC-00026401
Campbell, Beldon | 0001 | MTC-00022165
Campbell, Bruce A. | 0001 | MTC-00011172
Campbell, Dick A. | 0001 | MTC-00024249
Campbell, Don | 0001 | MTC-00009504
Campbell, Donald | 0001 | MTC-00012953
Campbell, Jefferson | 0001 | MTC-00013699
Campbell, John | 0001 | MTC-00012101
Campbell, Kevin | 0001 | MTC-00029237
Campbell, Krenson | 0003 | MTC-00001389
Campbell, Linda | 0001 | MTC-00012500
Campbell, Peter F. | 0001 | MTC-00013575
Campbell, William | 0001 | MTC-00013736
Campos, Joe R. | 0001 | MTC-00030897
Cancel, Carmen A. | 0001 | MTC-00011389
Canfield, Stella | 0001 | MTC-00010653
Canning, Anne | 0001 | MTC-00027342
Cannon, George | 0001 | MTC-00005034
Cannon, Russ | 0001 | MTC-00012420
Cantey, John M. | 0001 | MTC-00007344
Cantley, Harold | 0001 | MTC-00012210
Cantley, Harold | 0001 | MTC-00009406
Capella, William | 0001 | MTC-00010768
Caple, Paul | 0001 | MTC-00032691
Cappola, Peter | 0001 | MTC-00009775
Capps, Katie | 0001 | MTC-00028957
Capps, Philip | 0002 | MTC-00032336
Capurro, Wayne | 0001 | MTC-00010033
Caracostas, Mavis M. | 0001 | MTC-00009921
Caraglior, Cheryl | 0001 | MTC-00009391
Carder, Rita | 0001 | MTC-00028676
Cardillo, Americo | 0001 | MTC-00028321
cardude5@ juno.com | 0001 | MTC-00010460
Cardwell, Robert | 0001 | MTC-00020220
Carey, Barbara | 0001 | MTC-00023431
Carey, Thomas A. | 0001 | MTC-00017530
Carhart, Tom and Betty | 0001 | MTC-00008295
Carl, Emily | 0001 | MTC-00019835
Carle, Henry and Arlene | 0002 | MTC-00032334
Carlisle, Carol | 0001 | MTC-00032938
Carlsen, Jorgen | 0001 | MTC-00018577
Carlson, Evald | 0002 | MTC-00033317
Carlson, Jeffrey | 0001 | MTC-00021592
Carlson, Joel | 0001 | MTC-00009942
Carlson, John L. | 0001 | MTC-00014449
Carlson, Juane | 0002 | MTC-00033055
Carlson, Richard L. | 0001 | MTC-00006976
Carlson, Robert | 0001 | MTC-00008449
Carlton, Roy | 0001 | MTC-00005707
Carmody, Edward | 0001 | MTC-00032987
Carnagey, Pete | 0001 | MTC-00025977
Carnaghi, John | 0001 | MTC-00033012
Carneck, Al | 0001 | MTC-00020742
Carnes, Patrick | 0001 | MTC-00011808
Carney, J.C. | 0001 | MTC-00023493
Carney, John | 0001 | MTC-00000870
Carney, Wendy | 0001 | MTC-00024383
Carnick, John | 0001 | MTC-00008592
Carns, Ronald | 0001 | MTC-00011008
carnult1965@ juno.com | 0001 | MTC-00010875
carol1335@ aol.com | 0001 | MTC-00028129
Carpenter, James | 0002 | MTC-00032300
Carpenter, James | 0002 | MTC-00032485
Carpenter, John | 0001 | MTC-00012906
Carr, Alice | 0001 | MTC-00023319
Carr, David | 0001 | MTC-00011827
Carr, Peter | 0001 | MTC-00023322
Carr, Richard W. | 0001 | MTC-00025544
Carr, Richard W. | 0001 | MTC-00007444
Carr, Richard W. | 0001 | MTC-00012054
Carran, A. | 0001 | MTC-00001152
Carreiro, Jason | 0001 | MTC-00011052
Carrera, Daniel | 0003 | MTC-00004164
Carrick, Peggy Ann | 0001 | MTC-00029199
Carrico, Marlene | 0001 | MTC-00020238
Carrier, Joseph | 0001 | MTC-00013983
Carrier, Joseph | 0001 | MTC-00020519
Carrol, James | 0001 | MTC-00020751
Carroll, Kari | 0001 | MTC-00013880
Carroll, Sarah | 0001 | MTC-00029263
Carter, Beth | 0001 | MTC-00007257
Carter, Harvey | 0001 | MTC-00012428
Carter, Jennifer | 0001 | MTC-00020737
Carter, John | 0001 | MTC-00021724
Carter, Mark | 0001 | MTC-00011961
Carter, Patsy | 0001 | MTC-00012671
Carter, Rubie C. | 0001 | MTC-00024749
Cartier, Sharlene | 0001 | MTC-00021804
Cartwright, Chance | 0001 | MTC-00011049
Cartwright, Ian | 0001 | MTC-00013598
Carver, Chris | 0001 | MTC-00022449
Casady, Duane | 0002 | MTC-00002158
Casaletto, Geni | 0001 | MTC-00020183
Cascio, June | 0001 | MTC-00025341
Case, Dawn | 0002 | MTC-00032438
Casey, Ken | 0001 | MTC-00027140
Casey, Matthew | 0001 | MTC-00032802
Casey, Philip | 0001 | MTC-00009354
Casey, Walt | 0001 | MTC-00011979
Cashner, Benjamin | 0001 | MTC-00022140
Cason, Vida | 0001 | MTC-00023049
Cassill, Scott | 0001 | MTC-00026113
Castagno, Jean | 0001 | MTC-00032851
Casteel, Kathy | 0001 | MTC-00011833
Casteel, Sharon | 0001 | MTC-00029120
Casteel, Stan | 0001 | MTC-00011877
Castles, Gail | 0001 | MTC-00021157
Castro, Lourdes | 0002 | MTC-00029744
Catalon Electric@ aol.com | 0001 | MTC-00006957
Catapano, Craig | 0001 | MTC-00010801
Cate, Lisa | 0001 | MTC-00032654
Cathcart, Bill | 0001 | MTC-00007805
Cather, Donna | 0001 | MTC-00012650
Catherine, Janis | 0001 | MTC-00015817
Catherman, Dave | 0001 | MTC-00032689
Cathey, Fred | 0001 | MTC-00020703
Cathey, V. Ruth | 0002 | MTC-00032192
Catt, Janet | 0001 | MTC-00020936
Cattell, John | 0001 | MTC-00008090
Caughey, Dale | 0001 | MTC-00007477
Caughey, Dale | 0001 | MTC-00024712
Caullychurn, Luc | 0001 | MTC-00003113
Cavanaugh, Marion E. | 0001 | MTC-00027992
Cave, Robert | 0001 | MTC-00012163
Caverly, Nancy | 0001 | MTC-00026817
Cavin, Douglas A. | 0003 | MTC-00001222
cbaum@ nmbar.org | 0001 | MTC-00024232
Cederholm, Kelly | 0002 | MTC-00013725
Cerda-Donoso, Leviann | 0001 | MTC-00010410
Cespedes, David A. | 0001 | MTC-00013342
cgbotty1@ juno.com | 0001 | MTC-00011116
cgcworksinc@ juno.com | 0001 | MTC-00011143
Chabrian, Jerry | 0001 | MTC-00032758
Chadbourne, Seth | 0002 | MTC-00024922
Chadwick, Andrew | 0006 | MTC-00006254
Chaffey, Michael Patrick | 0001 | MTC-00004250
Chakas, Donald | 0001 | MTC-00032371
Chakas, Donald S. | 0001 | MTC-00012000
Chalbeck, Kevin | 0001 | MTC-00031677
Chalmers, Morley | 0001 | MTC-00008611
Chamales, George | 0002 | MTC-00004465
Chambers Sr, Charles | 0001 | MTC-00006771
Chambers, Mike | 0001 | MTC-00001742
Chan, Jean | 0001 | MTC-00032752
Chandler, Harry | 0001 | MTC-00029375
Chapin, Jeff | 0001 | MTC-00026936
Chapman, Brad | 0001 | MTC-00029163
Chapman, David | 0001 | MTC-00014233
Chapman, Howard L. | 0001 | MTC-00007870
Chapman, Rod | 0001 | MTC-00021040
Chappell, Richard | 0002 | MTC-00033039
Chard, Raj | 0001 | MTC-00013581
Chard, Raj | 0001 | MTC-00014249
Charles, Robert F. | 0001 | MTC-00011805
Charlie, Marian | 0001 | MTC-00014440
Charuhas, Chris | 0001 | MTC-00013054
Chase, Elton W. | 0002 | MTC-00023056
Chastain, Matthew | 0001 | MTC-00017551
Chaurin, Chris | 0001 | MTC-00009433
Chavez, Lou | 0001 | MTC-00010036
Cheatwood, Eric | 0001 | MTC-00013733
Chere, Jocye | 0001 | MTC-00026851
Cherubicxgurlie@ aol.com | 0001 | MTC-00026949
Cheung, Mars | 0001 | MTC-00024352
Chi, Eugene | 0002 | MTC-00014262
Chi, Jane F. | 0001 | MTC-00011943
Chicoine, COlin | 0001 | MTC-00026910
Chiefrob2@ juno.com | 0001 | MTC-00010868
Chiesa, Dino | 0002 | MTC-00003922
Chijiwa, Ryo | 0001 | MTC-00013044
Childers, Eileen F. | 0001 | MTC-00020478
Childers, Elsie | 0002 | MTC-00033315
Childers, Linda | 0001 | MTC-00021774
Chinamarie45@ juno.com | 0001 | MTC-00010914
Chine, Joe | 0001 | MTC-00020978
chipan413@ aol.com | 0001 | MTC-00016023
Chippindale, B. J. | 0002 | MTC-00002528
Chirico, Jeff | 0002 | MTC-00025029
Chiricosta, Dominick | 0001 | MTC-00012489
Chittenden, Dean | 0001 | MTC-00031689
Chohanmotor | 0001 | MTC-00026115
choliusa@ aol.com | 0001 | MTC-00013811
Chou, Matilda | 0001 | MTC-00000877
Chow, Benson | 0002 | MTC-00027496
Christensen, Collin | 0001 | MTC-00014823
Christensen, Mark | 0001 | MTC-00013334
Christensen, Maryann | 0001 | MTC-00032760
Christensen, Rhonda | 0001 | MTC-00009080
Christian, Ozie | 0001 | MTC-00010765
Christianson, Donna | 0001 | MTC-00013005
Christianson, Russ | 0001 | MTC-00012365
Christoffersen, Paul | 0001 | MTC-00012346
Christopher, Jason | 0001 | MTC-00019056
Christy, David | 0001 | MTC-00017861
chstaf01@ athena.louisville.edu | 0001 | MTC-00024763
chstudstill@ juno.com | 0001 | MTC-00028103
Chuck and Deanna | 0001 | MTC-00025389
chuckselk@ juno.com | 0001 | MTC-00024800
Chumney, Martha | 0001 | MTC-00020740
Church, Jason | 0002 | MTC-00032187
Churchill, Ryan R. | 0001 | MTC-00022173
Chynadahll1@ juno.com | 0001 | MTC-00010869
Ciarlo, Sally | 0001 | MTC-00010736
Citak, Edward | 0001 | MTC-00012188
Cividino, Dora | 0001 | MTC-00029289
cjarsenault@ juno.com | 0001 | MTC-00010479
Clancy, Deborah Kaplan | 0001 | MTC-00012062
Claney, Kathy | 0001 | MTC-00033181
Clare, Kenneth | 0001 | MTC-00033196
Clark, Gary | 0002 | MTC-00033144
Clark, George | 0002 | MTC-00033025
Clark, Gloria | 0001 | MTC-00012647
Clark, Jack | 0001 | MTC-00032982
Clark, James | 0001 | MTC-00022552
Clark, Katherine | 0001 | MTC-00003525
Clark, Larry | 0001 | MTC-00009163
Clark, Lawrence | 0001 | MTC-00025417
Clark, Margaret | 0001 | MTC-00012461
Clark, Michael F. | 0001 | MTC-00009099
Clark, Nick | 0001 | MTC-00008053
Clark, Scott | 0002 | MTC-00032449
Clark, Timothy | 0001 | MTC-00004981
Clark, William | 0001 | MTC-00012470
Clarke, Fred | 0001 | MTC-00008094
Clason, Larry | 0001 | MTC-00012088
Clayton, Jon | 0002 | MTC-00032162
Cleary, Chris | 0001 | MTC-00008695
Cleary, Chris | 0001 | MTC-00015163
Cleland, Rosemary | 0001 | MTC-00032894
Clement, Blaize | 0001 | MTC-00002681
Clement, Blaize | 0001 | MTC-00004639
Clements, Larry | 0001 | MTC-00002882
Clements, William | 0001 | MTC-00019254
Clements, William A. | 0001 | MTC-00011978
Clemons, Darrell | 0001 | MTC-00029439
Clerkin, Andrew | 0001 | MTC-00010531
Cleveland, Scott | 0001 | MTC-00021493
clevno@ realexcellence.com | 0001 | MTC-00028645
Cliff, James E. | 0003 | MTC-00004107
Clifton, Daniel | 0001 | MTC-00028853
Cline, Mary Jo | 0001 | MTC-00023342
CLontz, Lee | 0001 | MTC-00018928
Clowers, Harvey | 0001 | MTC-00004883
cnfjennings@ home.com | 0001 | MTC-00015953
Cobb, Betty J. | 0001 | MTC-00009639
Cobb, Burton | 0001 | MTC-00021077
Cobb, D. Carlton | 0002 | MTC-00033120
Cobb, John | 0001 | MTC-00012426
Cobb, Wayne | 0001 | MTC-00013212
Coble, John | 0001 | MTC-00024686
Cochell, Darrell | 0001 | MTC-00026862
Cochran, Mel | 0001 | MTC-00011664
Cody, Mark | 0001 | MTC-00006048
Cody, R. | 0001 | MTC-00006465
Cofer, Cliff | 0002 | MTC-00032494
Coffee, Frank | 0001 | MTC-00024226
Cohen, Dov G. | 0001 | MTC-00020324
Coker, Kim | 0001 | MTC-00028990
Col. Kurtz | 0001 | MTC-00003637
Colbert, David E. | 0001 | MTC-00026713
Colbert, Mark | 0001 | MTC-00005462
Coldiron, William | 0001 | MTC-00012487
Cole, Carl and Mable | 0001 | MTC-00023111
Cole, Carl and Mable | 0001 | MTC-00023112
Cole, Elmer | 0001 | MTC-00022392
Cole, Larry | 0001 | MTC-00021894
Coles, Martin | 0001 | MTC-00011230
Coley, Norman | 0001 | MTC-00024924
Collar, John | 0001 | MTC-00032660
Collette, Candy | 0001 | MTC-00021031
Collies, Howard | 0001 | MTC-00026868
Collins, Anita | 0001 | MTC-00012539
Collins, Diane | 0001 | MTC-00012434
Collins, Diane | 0001 | MTC-00029266
Collins, James | 0001 | MTC-00032690
Collins, Jeffrey | 0001 | MTC-00013178
Collins, Michael | 0001 | MTC-00023552
Collins, Phil | 0001 | MTC-00029438
Collins, Roy | 0001 | MTC-00022045
CollinsF3@ aol.com | 0001 | MTC-00008999
Collison, Tom | 0001 | MTC-00024140
Collister, Lyle | 0001 | MTC-00022129
Colome, Marcos | 0001 | MTC-00002949
Colon, A | 0002 | MTC-00032587
Colpo, Anthony | 0002 | MTC-00023349
Colter, Danuel | 0001 | MTC-00011400
Colvin, Frances | 0001 | MTC-00012281
Combs, Jimmy | 0001 | MTC-00024863
Comeaux, Carol B. | 0001 | MTC-00002430
Comery, Sean | 0001 | MTC-00032556
Compeau, Mike | 0001 | MTC-00018786
Computer City Distribution | 0001 | MTC-00020438
Concetta2882@ hotmail.com | 0001 | MTC-00010360
Conden, Dennis | 0001 | MTC-00002933
Condie, Bob | 0002 | MTC-00012143
Condroski, K evin | 0002 | MTC-00004202
Cone, John | 0001 | MTC-00021705
Conen, Lesi Patricia | 0001 | MTC-00032897
Coney, Lynn S. | 0001 | MTC-00006998
Confer, Holt | 0001 | MTC-00022452
Conk, Blaine | 0002 | MTC-00033299
Conklin, Michael | 0001 | MTC-00032741
Conlon, Patrick | 0001 | MTC-00004201
Connell, Rick | 0001 | MTC-00009236
Connell, W.E. | 0002 | MTC-00033041
Conner, Charles D. | 0002 | MTC-00027594
Conner, Elizabeth | 0001 | MTC-00012366
Conner, Mikel | 0001 | MTC-00012222
Conner, Ty | 0001 | MTC-00010763
Connett, Brian | 0001 | MTC-00012337
Conover, Sterling | 0001 | MTC-00012637
Conrad, Don | 0001 | MTC-00008794
Conrad, E.S., Jr. | 0001 | MTC-00009655
Conrad, Earl H. | 0001 | MTC-00011932
Conrad, Sara | 0001 | MTC-00029127
Contreras, Felipe | 0002 | MTC-00009468
Conway, Lois | 0001 | MTC-00022961
Conway, Richard | 0002 | MTC-00033261
Cooch, Robert | 0002 | MTC-00033218
Cook, Debra | 0001 | MTC-00000105
Cook, Gerald | 0001 | MTC-00024929
Cook, James | 0001 | MTC-00023824
Cook, Jesse | 0001 | MTC-00011048
Cook, Joan Nims | 0001 | MTC-00011754
Cook, Mr. | 0001 | MTC-00023097
Cook, Thomas | 0001 | MTC-00026548
Cook, William | 0001 | MTC-00025927
Cook, William | 0001 | MTC-00008800
cookiegramma@ juno.com | 0001 | MTC-00025206
Cooley, Steve | 0001 | MTC-00012827
Cooley, Steve | 0001 | MTC-00003617
Coombs, James | 0001 | MTC-00011729
Coon, Charles | 0001 | MTC-00019846
Cooper, Charles | 0001 | MTC-00012313
Cooper, Richard | 0001 | MTC-00001716
Cooper, Roger | 0001 | MTC-00032885
Cooperman, Marcia | 0001 | MTC-00029103
Copeland, Arthur | 0001 | MTC-00000809
Copeland, Greg | 0001 | MTC-00016903
Copeland, Randy | 0001 | MTC-00032751
Corbett, Daniel | 0001 | MTC-00004268
Corbett, Margaret | 0001 | MTC-00022644
Corbett, R. Ronald | 0001 | MTC-00021190
Corbett, Roger | 0001 | MTC-00032701
Corbett, Ronald R. | 0001 | MTC-00012152
Corbett, Sydney | 0001 | MTC-00012345
Corbett, Sydney | 0001 | MTC-00009298
Corbett, Syndey | 0001 | MTC-00021208
Corbin, Michael | 0001 | MTC-00013241
Corboy, Sharon | 0001 | MTC-00009238
Cordeiro, Brock N. | 0001 | MTC-00022172
Cordes, Alvin | 0001 | MTC-00022716
Cordes, Ruediger | 0001 | MTC-00002140
Cordts, W. J. | 0001 | MTC-00018628
Corea, Christine | 0001 | MTC-00028466
Cori, Lou | 0001 | MTC-00009431
Cormier, John | 0001 | MTC-00020500
cornedog@ bellsouth.net | 0001 | MTC-00016012
Cornelieus, W. J. | 0001 | MTC-00002670
Cornell, Robert | 0001 | MTC-00010229
Cornwell, Kathryn | 0001 | MTC-00025864
Corona, Patricia | 0001 | MTC-00013010
Corona, Vicki | 0001 | MTC-00010128
Corradino, Frank | 0001 | MTC-00032899
Correla, Anthony | 0002 | MTC-00028673
Corwin, Phil | 0002 | MTC-00033076
Corwin, Steve | 0001 | MTC-00025683
Cosman, John | 0001 | MTC-00032984
Cosper, Vallie | 0001 | MTC-00025846
Cost-Research Corporation | 0002 | MTC-00007214
Cote, Evelyn | 0001 | MTC-00026253
Cotti, Thomas | 0001 | MTC-00023420
Cottongim, Virgil | 0001 | MTC-00024562
Cottrell, Amy | 0001 | MTC-00005683
Coultas, Laury | 0001 | MTC-00021812
Courtney, Athol | 0002 | MTC-00019138
Courtney, Macy | 0001 | MTC-00029208
Coussens, Eugene | 0001 | MTC-00025045
Coussens, Jerry | 0001 | MTC-00006190
Coventry, Russell | 0002 | MTC-00033029
Cowan, Micah | 0001 | MTC-00019145
Cowels, Captain Russell | 0001 | MTC-00027386
Cowen, Dave | 0002 | MTC-00026444
Cox, Debra | 0001 | MTC-00020448
Cox, Gerald | 0002 | MTC-00007124
Cox, Jacilyn | 0002 | MTC-00032481
Cox, Jeff | 0001 | MTC-00020728
Cox, Jerry | 0001 | MTC-00013504
Cox, John R. | 0001 | MTC-00008782
Cox, Jud | 0001 | MTC-00021066
Cox, Kenneth | 0002 | MTC-00013910
Cox, Larry | 0002 | MTC-00008083
Cox, Phillip | 0001 | MTC-00015875
Cox, Rody P. | 0001 | MTC-00029025
Cox, Stephen | 0001 | MTC-00020413
Coy, Tim | 0001 | MTC-00009436
Coy, Timothy | 0002 | MTC-00033008
Coyle, J. | 0001 | MTC-00017257
Coyle, Joseph A. | 0001 | MTC-00007321
Coyle, Sean | 0001 | MTC-00002552
CpiCfo@ aol.com | 0002 | MTC-00008061
Crable, Robert | 0001 | MTC-00015072
Crabtree, Doug | 0001 | MTC-00021895
Crabtree, Shane | 0001 | MTC-00012998
Cracknell, Stephen | 0002 | MTC-00005105
Craft, Brian | 0001 | MTC-00019937
Cragin, Porter | 0002 | MTC-00009641
Craighead, Matt | 0004 | MTC-00013687
Cramblit, Joella | 0001 | MTC-00025964
Cramer, Jim | 0001 | MTC-00021083
Cramer, Jim | 0001 | MTC-00033279
Cramer, Michael | 0002 | MTC-00032321
Cramer, Travis | 0001 | MTC-00027973
Crandall, Lelia P. | 0001 | MTC-00025833
Crane, Annette | 0001 | MTC-00009365
Crane, Martin | 0001 | MTC-00021476
Cranney, Spencer A. | 0001 | MTC-00012043
Crass, Michael | 0001 | MTC-00013004
Crass, Michael | 0001 | MTC-00020109
Crass, Michael | 0002 | MTC-00032206
Cratwright, Bruce | 0002 | MTC-00026428
Crawford, Charles | 0001 | MTC-00010578
Crawford, Ed | 0001 | MTC-00003330
Crawford, Geraldine | 0001 | MTC-00022744
Crawford, Jack | 0001 | MTC-00014370
Crawford, Pauline | 0001 | MTC-00023709
Crawford, Toni | 0001 | MTC-00023705
Crawford, Wade | 0001 | MTC-00022947
Crawley, David B. | 0001 | MTC-00014145
Crawley, Shinita | 0001 | MTC-00003550
Creamer, Chadwick | 0001 | MTC-00032577
Creamer, Rosalie | 0001 | MTC-00013028
Crean, Donald | 0001 | MTC-00012482
creightonlvx@ juno.com | 0001 | MTC-00024798
Crenshaw, Jennifer | 0001 | MTC-00032664
Creotteau, B. S. | 0001 | MTC-00010598
Creson, Rick | 0001 | MTC-00010725
Cresse, Roselyn | 0001 | MTC-00021753
Cresswell, Elsie | 0001 | MTC-00012940
Crews, Edna Earle | 0001 | MTC-00010535
Criag, Dorothy | 0001 | MTC-00001560
Crider, Maria | 0001 | MTC-00013007
Crimin, Duane | 0002 | MTC-00033172
Crisci, Vincent | 0001 | MTC-00020161
Crisp, Paul | 0001 | MTC-00013253
Crist, Deborah | 0001 | MTC-00014065
Crist, Tommy | 0001 | MTC-00022443
Cristea, Eugen | 0001 | MTC-00010543
Critser, Danny | 0001 | MTC-00023736
crm14c@ optonline.net | 0001 | MTC-00016008
Croce, Louis | 0001 | MTC-00021817
Crofoot, Jim | 0001 | MTC-00006972
Crooks, Ian C. | 0001 | MTC-00009214
Cross, Donald | 0001 | MTC-00029138
Cross, Dustin | 0001 | MTC-00026827
Cross, Gary | 0001 | MTC-00032635
Cross, Megan Deon | 0002 | MTC-00025801
Cross, Zach | 0002 | MTC-00005215
Crossfield, Henry | 0001 | MTC-00020621
Crosslin, James | 0002 | MTC-00032355
Crosswhite, Thomas | 0002 | MTC-00033134
Crotty, Nancy | 0001 | MTC-00026476
Crouch, Cliff | 0002 | MTC-00014704
Crouch, Sheila Renee | 0001 | MTC-00024850
Crow, Barb | 0001 | MTC-00024991
Crowell, Harry | 0001 | MTC-00003879
Crowell, Harry | 0001 | MTC-00011331
Crowell, Sheryle | 0001 | MTC-00013528
Crows, Harry | 0001 | MTC-00006913
Croy001@ umn.edu | 0001 | MTC-00028647
Crum, Richard | 0001 | MTC-00010024
Crum, Richard | 0001 | MTC-00024157
Crumley, Jim | 0001 | MTC-00008656
cruss1408@ msn.com | 0001 | MTC-00026251
CSSSYS@ attglobal.net | 0001 | MTC-00003133
Ctagliafer@ aol.com | 0001 | MTC-00026280
ctrizogl@ cisco.com | 0001 | MTC-00028120
Cuddihy, Scott | 0001 | MTC-00010352
Cueto, John N. | 0001 | MTC-00019819
Culberson, Jerry | 0001 | MTC-00032665
Culbertson, Richard | 0001 | MTC-00026619
Culham, Carol | 0001 | MTC-00021192
Culp, Charles N. | 0001 | MTC-00023584
Culp, Harold | 0001 | MTC-00020690
Culpepper, Sharon | 0001 | MTC-00024045
Culver, John | 0002 | MTC-00033254
Cumbest, Don | 0001 | MTC-00020140
Cummings, Delbert | 0002 | MTC-00033045
Cummings, Don | 0001 | MTC-00012970
Cummings, Lee | 0001 | MTC-00023441
Cundell, Toby | 0001 | MTC-00021680
Cunningham, Carl | 0001 | MTC-00022115
Cunningham, Josephine | 0001 | MTC-00009498
Cunningham, Michael | 0001 | MTC-00031505
Cunningham, Phil | 0001 | MTC-00009961
Curley, Robert | 0002 | MTC-00033052
Curlyle, Christopher | 0001 | MTC-00031218
Currie, Jacquelyn | 0001 | MTC-00032871
Currie, S. | 0001 | MTC-00032903
Curry, Milton T. | 0001 | MTC-00027118
Curry, Robert | 0002 | MTC-00033212
Curtin, Steve | 0001 | MTC-00023766
Curtis, E. C. | 0001 | MTC-00005595
Curtis, Robert | 0001 | MTC-00021773
Curtis, Stanley | 0001 | MTC-00028967
Curtis, Toni | 0002 | MTC-00033135
Curtiss, Jeanne K. | 0001 | MTC-00017286
Cusack, Gerald W. | 0001 | MTC-00011898
Cushman, Grace | 0001 | MTC-00012676
Cusick, Roseanne | 0001 | MTC-00012979
cutememery@ yahoo.com | 0001 | MTC-00026432
Cutler, Tracey | 0001 | MTC-00029533
Cutshaw, Dianne | 0001 | MTC-00006864
cwolk01@ juno.com | 0001 | MTC-00011299
Cygan, Pat | 0001 | MTC-00032825
Cym98gz@ aol.com | 0001 | MTC-00007818
Cynthiasdesigns@ aol.com | 0001 | MTC-00011683
Czechowicz, Darek | 0001 | MTC-00010504
D'Agostino, Mark | 0002 | MTC-00032286
D'Alessio, Janet | 0001 | MTC-00020966
D'amour, Claude | 0001 | MTC-00013878
D'Andrea, Anthony | 0003 | MTC-00032082
D'Angeli, Frank | 0002 | MTC-00009543
D'angeli, Frank | 0001 | MTC-00009887
D'Ovidio, Edward | 0001 | MTC-00012287
D'Ovidio, Edward | 0001 | MTC-00029219
D.J. | 0001 | MTC-00006374
Da Cunha, Mark | 0004 | MTC-00008545
Daggett, Susan | 0001 | MTC-00021126
Dague, Ron | 0001 | MTC-00021468
Dahl, Dave | 0001 | MTC-00001174
Dahl, Jim and Wanda | 0001 | MTC-00009088
Dahlberg, Robert L. | 0001 | MTC-00008776
Daigger, Roger | 0002 | MTC-00032224
Daigger, Roger | 0002 | MTC-00032492
Dailey, Charlie | 0001 | MTC-00002023
DaisyAnne | 0001 | MTC-00000518
DAK7592@ juno.com | 0001 | MTC-00010920
Dakan, Pete | 0002 | MTC-00032967
dakawjot | 0001 | MTC-00029458
Dale, Marjorie | 0001 | MTC-00025716
Dale, Mark | 0001 | MTC-00006617
Daleo, Rosemary | 0002 | MTC-00033237
Daley, Catherine | 0001 | MTC-00021220
Dalia, Apuna | 0001 | MTC-00011972
Dallara, Louis T. | 0001 | MTC-00019636
Dalton, Gary | 0001 | MTC-00012466
Dalton, Mark | 0002 | MTC-00002847
Dalton, Norris | 0001 | MTC-00011080
Dalton, Paul | 0001 | MTC-00003985
Dalton, Stephen | 0001 | MTC-00020481
Daly, Laura | 0001 | MTC-00020122
Dambra, John | 0001 | MTC-00009532
Damrau, Paul | 0001 | MTC-00020642
dan@ apl.washington.edu | 0001 | MTC-00010923
Danaher, Frank | 0001 | MTC-00010810
Danaher, Frank | 0001 | MTC-00021061
Dandini, M. | 0001 | MTC-00000674
Daniell, Jeff | 0001 | MTC-00011044
Daniels, Dean | 0001 | MTC-00024901
Daniels, Jackie | 0001 | MTC-00012414
Daniels, Leonard P. | 0001 | MTC-00021719
daniels@ cniinternet.net | 0001 | MTC-00011423
Danielson, Ruth ANn | 0001 | MTC-00025791
Danneburg, Walter | 0001 | MTC-00022742
Dannecker, Tom | 0001 | MTC-00023474
Darby, Patricia | 0001 | MTC-00020495
Dartez, Paul | 0001 | MTC-00012427
Dasaro, Stephen F. | 0001 | MTC-00011996
Datta, Robin | 0002 | MTC-00020471
Dau, Sandra | 0001 | MTC-00023368
Daugherty, Delores | 0001 | MTC-00026038
Daugherty, Donald | 0001 | MTC-00016416
Daugherty, Michael | 0001 | MTC-00026041
Daugherty, Wesley | 0002 | MTC-00033146
davcarl@ aol.com | 0001 | MTC-00009086
Davenport, Richard | 0001 | MTC-00029233
David Lantz@ amway.com | 0001 | MTC-00000469
David S | 0001 | MTC-00012161
David, Claude | 0001 | MTC-00011035
david@ amozonherb.com | 0001 | MTC-00010346
davidj@ chsengineers.com | 0001 | MTC-00021977
Davids, Oscar | 0001 | MTC-00032613
Davidson, Jennifer | 0001 | MTC-00009830
davindavid@ juno.com | 0001 | MTC-00012758
Davis, Arnold | 0001 | MTC-00009541
Davis, Bill | 0001 | MTC-00017459
Davis, Bruce | 0001 | MTC-00029357
Davis, Cameron | 0001 | MTC-00011851
Davis, Debbie | 0001 | MTC-00021803
Davis, Debbie | 0001 | MTC-00009547
Davis, Diane | 0001 | MTC-00020503
Davis, Diane | 0001 | MTC-00020506
Davis, Donn | 0001 | MTC-00007392
Davis, Gavin | 0001 | MTC-00012935
Davis, Jack | 0001 | MTC-00032804
Davis, James | 0001 | MTC-00022642
Davis, James | 0001 | MTC-00022643
Davis, John | 0001 | MTC-00026266
Davis, John | 0001 | MTC-00011881
Davis, Kenneth Lee | 0001 | MTC-00013908
Davis, Kirk | 0001 | MTC-00014789
Davis, LaVada | 0001 | MTC-00020648
Davis, Leland | 0001 | MTC-00001049
Davis, Lorraine | 0001 | MTC-00022942
Davis, Maurice | 0002 | MTC-00004901
Davis, Peter | 0001 | MTC-00020223
Davis, Ruth | 0001 | MTC-00022384
Davis, T. Ron | 0001 | MTC-00010823
Davis, Tom | 0002 | MTC-00003037
Davis, William | 0001 | MTC-00032088
Davlin, Jim | 0001 | MTC-00005081
Dawes, scott | 0003 | MTC-00027778
Dawley, Michael | 0001 | MTC-00003357
Dawson, Gary | 0001 | MTC-00008551
Dawson, John | 0001 | MTC-00020530
Day, David | 0001 | MTC-00006036
Day, David | 0001 | MTC-00024316
Day, Fred | 0001 | MTC-00000707
Day, Teresa D. | 0001 | MTC-00007410
Day-Lyon, Karen | 0001 | MTC-00023089
dayna.wh@ windhamhills.com | 0001 | MTC-00024785
dben341144@ aol.com | 0001 | MTC-00009054
DCBLCC@ aol.com | 0001 | MTC-00007219
dcmcder@ swbell.net | 0001 | MTC-00028605
dcrab@ aol.com | 0001 | MTC-00021952
ddanh2000@ yahoo.com | 0001 | MTC-00010377
ddp2000@ tds.net | 0001 | MTC-00008567
De Cave, Gerry | 0001 | MTC-00009544
De Croix, Victor | 0001 | MTC-00022180
De Fazio, Joe | 0001 | MTC-00029050
De Marco, Alfonse | 0001 | MTC-00012227
De Ridder, Steven | 0001 | MTC-00020996
De Souza, Noel | 0001 | MTC-00014857
De Ville, Alan | 0001 | MTC-00012270
De Vita, Louis | 0001 | MTC-00005932
Dean, Daniel | 0001 | MTC-00013210
Dean, John | 0002 | MTC-00011682
Dean, Malcom | 0001 | MTC-00002921
deane-o@ msn.com | 0001 | MTC-00028199
deanhajr@ att.net | 0001 | MTC-00026353
deanr@ avisloans.com | 0001 | MTC-00024268
Debo, Jurgen | 0002 | MTC-00002848
DeBrett, Charles | 0001 | MTC-00032918
DeCarlo, Lou | 0001 | MTC-00021968
DeChaine, James | 0001 | MTC-00012994
Decker, Bill | 0001 | MTC-00021078
Decker, Wes | 0001 | MTC-00000863
Defendorf, Len | 0001 | MTC-00023694
DeFilippo, Ronald | 0001 | MTC-00020521
DeFlick@ iHi.com | 0001 | MTC-00011806
DeForrest, Norman | 0001 | MTC-00023253
DeFoy, Don | 0001 | MTC-00025385
Degering, Harvey | 0001 | MTC-00003383
Dehekker, Steve | 0001 | MTC-00011518
Deibler, Patricia | 0001 | MTC-00029271
Deignan, Paul | 0001 | MTC-00006124
Deitschman, Gary | 0002 | MTC-00033307
DeJager, Everett | 0002 | MTC-00033234
DeJonge, Ken | 0001 | MTC-00012154
Dekker, Adrian | 0002 | MTC-00032439
Dekker, Adrian J. | 0002 | MTC-00032142
Dekker, Tom | 0001 | MTC-00032771
Del Medico, Nicholas | 0001 | MTC-00003862
Del Vecchio, Giuseppe | 0001 | MTC-00006935
Delaney, Charles | 0001 | MTC-00029284
Delaney, Ed | 0001 | MTC-00012574
Delaney, Jeanne | 0001 | MTC-00026275
Delaney, Robert F. | 0001 | MTC-00012764
Deleon, Jose | 0001 | MTC-00002806
DeLima, Luiz | 0001 | MTC-00000598
DeLima, Luiz | 0001 | MTC-00008079
Dell, Ken | 0001 | MTC-00026257
Dell, Thomas | 0001 | MTC-00029410
Dellinger, David | 0001 | MTC-00001570
Delong, Jim | 0001 | MTC-00014710
DeMarco, Mary | 0001 | MTC-00021782
DeMarcus, Joan B. | 0001 | MTC-00010539
Demartini, James | 0002 | MTC-00032215
DeMas, Nicole | 0001 | MTC-00009405
DeMatteo, Teri | 0001 | MTC-00027062
Dembry, Paul | 0002 | MTC-00022084
Deming, Richard | 0001 | MTC-00032950
DeMpss, Irene | 0001 | MTC-00012363
DeMpss, Irene | 0001 | MTC-00029130
Demsky, Lynn | 0001 | MTC-00020696
DeNardo, Sam | 0001 | MTC-00005993
Denbow, Eugene | 0001 | MTC-00011850
Denbus, Dolores | 0001 | MTC-00029313
Deneen, Robert N. | 0001 | MTC-00021692
Denenberg, Marat | 0001 | MTC-00013388
Deng, Xiang Min | 0001 | MTC-00012911
Denmark, William | 0001 | MTC-00032624
Denney, Richard | 0001 | MTC-00006478
Dennis, Earl | 0001 | MTC-00020338
Dennis, Hal | 0001 | MTC-00008829
Dennis, Hal | 0001 | MTC-00014027
Denny, John | 0001 | MTC-00009850
Deno, Rick | 0001 | MTC-00008051
denrosep@ juno.com | 0001 | MTC-00028225
Densham, Pen | 0001 | MTC-00001592
Denton, Jennifer | 0001 | MTC-00020693
Dentz, Gerald | 0001 | MTC-00011326
Denuel, Paul J. | 0001 | MTC-00009112
Depeo, John | 0001 | MTC-00023425
DeRemer, Franklin | 0002 | MTC-00033189
Derenthal, Holly | 0001 | MTC-00032629
DeReuil, Barbara | 0001 | MTC-00013012
Derickson, Mark | 0001 | MTC-00022927
Derrig, John R. | 0003 | MTC-00032589
DeSario, Chuck | 0001 | MTC-00009640
DeSchene, Kevin | 0002 | MTC-00011648
DeShann, Barbara | 0001 | MTC-00000025
DeSlippe, Donna E. | 0001 | MTC-00019987
Desmedt, Donald | 0001 | MTC-00020529
Despirito, Emilio | 0001 | MTC-00032835
Deterding, Paul | 0001 | MTC-00022730
Detherow, Don | 0001 | MTC-00013731
Detloff, Sally | 0001 | MTC-00009638
dev@ aamv.net | 0001 | MTC-00015978
DeVaan, Herb & Loretta | 0001 | MTC-00008286
DeVerne, Jacobsen | 0001 | MTC-00011347
Devlin, Frank | 0001 | MTC-00025119
DeVoar, Gale | 0001 | MTC-00022478
DeVoar, Gale | 0001 | MTC-00012942
DeVries, Danny | 0001 | MTC-00032583
DeVries, Denny | 0001 | MTC-00032626
DeVry, George | 0001 | MTC-00021590
Dewalt, Ryan | 0002 | MTC-00025202
DeWitt, Maureen | 0001 | MTC-00022058
Dexy, Dex | 0001 | MTC-00016049
dfa42@ hotmail.com | 0001 | MTC-00010464
dflex@ worldbank.org | 0001 | MTC-00028638
dgcj4 | 0001 | MTC-00012081
dgsfox@ aol.com | 0001 | MTC-00008732
DHScoggin@ aol.com | 0001 | MTC-00010548
dianejacob@ yahoo.com | 0001 | MTC-00010930
Diapadon@ webtv.net | 0001 | MTC-00015975
Dibble, Thomas | 0002 | MTC-00032898
DiBiase, Marco | 0001 | MTC-00011878
Dickison, Rod | 0001 | MTC-00020231
Dickman, Matt | 0001 | MTC-00003212
Dieckert, Joe | 0001 | MTC-00002980
Diehl, V. Louise | 0001 | MTC-00021843
Diesing, Duane | 0001 | MTC-00025743
Dilger, David | 0001 | MTC-00003046
Dill, Thomas | 0001 | MTC-00011726
Dillard, Richard | 0001 | MTC-00024068
Dillard, Sandra | 0001 | MTC-00012499
Dillard, Sandra | 0001 | MTC-00009471
Diller, Franklyn | 0002 | MTC-00033003
Dilley, Michael | 0001 | MTC-00032959
Dilligan, Thomas | 0003 | MTC-00027335
Dimmel, Lynda | 0002 | MTC-00003418
DiNardi, A. | 0001 | MTC-00009491
Dingus, Samuel | 0001 | MTC-00020986
Dink | 0001 | MTC-00019509
Dino | 0001 | MTC-00008531
Dinsmore, Michael | 0001 | MTC-00015021
Disparted, Frank | 0001 | MTC-00008842
Dissen, Fred H. | 0002 | MTC-00010319
Dixon, Cheicr | 0001 | MTC-00009349
Dixon, Dorothy | 0002 | MTC-00032470
Dixon, Marcus | 0001 | MTC-00020622
Dixon, Merrill | 0001 | MTC-00014407
Dixon, Roy C. | 0005 | MTC-00011264
Dixon, Wilda I. | 0001 | MTC-00010252
djgb@ msn.com | 0001 | MTC-00021981
djt@ netfocus.net | 0001 | MTC-00010454
dksflu@ ez-net.com | 0001 | MTC-00014504
dlaynejr@ juno.com | 0001 | MTC-00021978
dmanhs@ juno.com | 0001 | MTC-00024799
dmc654@ aol.com | 0001 | MTC-00021980
dmelfi@ promot.com | 0001 | MTC-00013838
dmgreene@ ucla.edu | 0001 | MTC-00016010
dmiles | 0001 | MTC-00023203
Doane, Danielle | 0001 | MTC-00032574
Dobson, Glenn | 0001 | MTC-00012184
Dobson, R. C. | 0001 | MTC-00008481
Dockery, Barry | 0001 | MTC-00012458
Dodds, George | 0001 | MTC-00022763
Dodds, Laura | 0001 | MTC-00006020
Dodson, Joan | 0001 | MTC-00021465
Dodson, Warren E. | 0001 | MTC-00023191
Doern, Betty Lou | 0001 | MTC-00002437
Doerr, Mark | 0002 | MTC-00001688
dogjerde@ worldnet.att.net | 0001 | MTC-00024823
Dolan, Aline | 0002 | MTC-00009184
Dollack, Brian S. | 0002 | MTC-00011491
Dolson, Robert | 0001 | MTC-00024201
Doman, Geoffrey | 0001 | MTC-00007801
Doman, Geoffrey | 0001 | MTC-00012390
Doman, Patrick L. | 0001 | MTC-00005851
Dominguez, Anthony | 0002 | MTC-00032287
Dominguez, Walter | 0001 | MTC-00009760
Domrow, Joan | 0001 | MTC-00023551
don-patl@ msn.com | 0001 | MTC-00011308
Donahue, Tom | 0001 | MTC-00023350
Donald | 0001 | MTC-00007332
Donaldson, Kenneth | 0001 | MTC-00023447
Donaldson, Miriam E. | 0001 | MTC-00012111
Donaldson, Norm | 0001 | MTC-00011736
Donehower, H. Roy | 0001 | MTC-00003918
Donlon, Katherine | 0001 | MTC-00020727
Donnelly, Thom | 0001 | MTC-00010052
Donner, Jeff | 0001 | MTC-00025645
Donohue, Bill | 0001 | MTC-00023889
Donovan, Chuck | 0001 | MTC-00009145
Donovan, Mike | 0001 | MTC-00009980
Donovan, Richard F. | 0001 | MTC-00011886
Donovan, William P. | 0001 | MTC-00022181
Donstitaes | 0001 | MTC-00025860
Doo, Mary | 0001 | MTC-00025460
Doran, Bob | 0001 | MTC-00019985
Doran, Tom | 0001 | MTC-00006722
Doran-Marshall, Dave | 0001 | MTC-00014606
Dorey, David | 0001 | MTC-00020113
Doris, Bob | 0001 | MTC-00003311
dorisprc2@ juno.com | 0001 | MTC-00010492
Dotson, Gordon | 0001 | MTC-00012965
Dou Coupolis, Halle | 0001 | MTC-00008576
Dougherty, Fran | 0001 | MTC-00012665
Douglas, Bob | 0001 | MTC-00010275
Dow, Terri and Reed | 0001 | MTC-00010895
Dowd, Christine | 0001 | MTC-00023841
Dowd, Christine | 0001 | MTC-00033352
Dowd, John F. | 0001 | MTC-00002566
Dowdy, Jerry | 0001 | MTC-00012462
Dowdy, Jerry | 0001 | MTC-00029449
Dowe, Jane | 0001 | MTC-00020414
Dowel, John F. | 0003 | MTC-00024967
Dowling, Jim | 0001 | MTC-00008111
Downer, John | 0001 | MTC-00013252
Downey, Brenda | 0001 | MTC-00021919
Doyle, Dennis | 0001 | MTC-00021553
Doyle, Don | 0001 | MTC-00012450
dpg-marl@ juno.com | 0001 | MTC-00010913
DPWPoot@ aol. com | 0001 | MTC-00007264
Dr. Oog | 0001 | MTC-00002999
Drago, Pamela | 0001 | MTC-00003295
Dragoo, Phil | 0001 | MTC-00022695
Dragoun, Mike | 0001 | MTC-00023381
Drake, David | 0001 | MTC-00005204
Drake, David | 0001 | MTC-00032361
Drake, Gayle | 0001 | MTC-00029384
Dregalla, Jon | 0001 | MTC-00022727
Dreier, E.W. | 0001 | MTC-00033494
Driscipio, Joseph | 0001 | MTC-00023695
Driscoll, Patrick J. | 0001 | MTC-00007514
drittler@ juno.com | 0001 | MTC-00010871
Drown, Calvin | 0001 | MTC-00006709
DrShelleyG@ aol.com | 0001 | MTC-00009106
Dryden, Charles | 0001 | MTC-00011099
Dryden, Gary | 0001 | MTC-00032678
Du Vall, Alben | 0001 | MTC-00032807
Duane, Mailing | 0001 | MTC-00014854
Dubcak, Ray | 0001 | MTC-00009295
dube@ sensible-net.com | 0001 | MTC-00025639
DuBois, Paul | 0001 | MTC-00002856
Dubosky, Mark | 0001 | MTC-00010764
Ducamp, Bernard P. | 0001 | MTC-00004772
Duckham, Philip | 0001 | MTC-00026622
Dudley, Tom | 0001 | MTC-00020668
Duersing, B. | 0001 | MTC-00005572
Duerst, Frank K. | 0001 | MTC-00012340
Duffett, James W. | 0001 | MTC-00029342
Duffy, D.D. | 0001 | MTC-00012408
Duffy, Karen | 0001 | MTC-00029071
DuFour, Mark | 0001 | MTC-00004925
DuFrane, Robert | 0001 | MTC-00020770
Duggan, Robert S. | 0001 | MTC-00006736
Duijker, HGM | 0001 | MTC-00004124
Duke, Brett | 0005 | MTC-00026940
Dunaway, Daniel | 0001 | MTC-00021005
Dunaway, Les | 0001 | MTC-00027902
Duncan, James R. | 0001 | MTC-00023562
Duncan, Jeff | 0001 | MTC-00023458
Duncan, John | 0001 | MTC-00033031
Dungan, Cynthia | 0001 | MTC-00021669
Dunn, Bernard | 0001 | MTC-00006382
Dunn, Gerald | 0001 | MTC-00021204
Dunn, Ken | 0001 | MTC-00000057
Dunn, Michael | 0001 | MTC-00000841
Dunn, Ron | 0001 | MTC-00021127
Dunning, Gary | 0001 | MTC-00012767
Dunning, Helen-Elizabeth | 0001 | MTC-00020340
Dunning, James | 0001 | MTC-00032991
Dupree, John | 0001 | MTC-00032768
Dupuis, Dominic | 0001 | MTC-00032129
Dupuy, Lori | 0001 | MTC-00024459
Dupuy, Paul Jr. | 0001 | MTC-00024458
Durant, Christopher | 0001 | MTC-00031334
Durant, Dean | 0001 | MTC-00004145
Durrant, John | 0001 | MTC-00024065
dustyt@ ppmco.com | 0001 | MTC-00021986
Dutresne, Walter | 0001 | MTC-00013587
Dutton, Granville | 0001 | MTC-00024156
DuVall, Merlin | 0001 | MTC-00008904
DuWardt, James | 0001 | MTC-00019273
Dux, Richard J. | 0001 | MTC-00011944
Duzenack, Geraldine | 0001 | MTC-00020635
Dvorak, Mike | 0001 | MTC-00000284
Dwdiet@ aol.com | 0001 | MTC-00008743
Dwyer, Jack T. | 0001 | MTC-00027143
Dye, Marian | 0001 | MTC-00008452
dyFosse, Peter | 0011 | MTC-00025243
Dyson, Jim | 0001 | MTC-00013070
Dzemidzenka, Steve | 0001 | MTC-00019131
Dzienius, Susan | 0001 | MTC-00012300
E.E. | 0001 | MTC-00015795
E.J. | 0001 | MTC-00016199
EAbercromb@ aol.com | 0001 | MTC-00007282
Eagle, Lewis | 0001 | MTC-00021180
Earle, Clifford | 0002 | MTC-00032688
Earles, Mr. and Mrs. Harley | 0001 | MTC-00013040
Earley, Joseph | 0001 | MTC-00022102
Earneot, Patrick | 0001 | MTC-00016170
Eash, Chris | 0001 | MTC-00024221
Easley, R. V. | 0001 | MTC-00011275
Eastham, James | 0001 | MTC-00005309
Eastland, Fred | 0001 | MTC-00005849
Easton, Thomas | 0001 | MTC-00009916
Eaton, Deborah | 0001 | MTC-00011732
Eaves, Frank | 0002 | MTC-00012412
Eberhart, Thomas | 0001 | MTC-00021011
ecd—asso@ traverse.com | 0001 | MTC-00014320
Echevarria, Orlando | 0001 | MTC-00009895
Eckert, John | 0002 | MTC-00032320
Ecklof, Alan J. | 0001 | MTC-00004533
Ed, A. | 0001 | MTC-00009712
Eddy, Mike | 0001 | MTC-00007826
Edel, George | 0001 | MTC-00023241
Eders, Jim | 0001 | MTC-00011803
Edge OO | 0001 | MTC-00010965
Edge, John | 0001 | MTC-00010526
Edgecomb, Steve | 0001 | MTC-00027749
Edick, Randall | 0001 | MTC-00005012
Edirisinghe, Irina | 0001 | MTC-00021733
edmjrm@ fyi.net | 0001 | MTC-00014318
Edmonds, Duane | 0001 | MTC-00008674
Edmonson, Alan | 0001 | MTC-00029456
Edwards, Bill | 0001 | MTC-00004195
Edwards, Bill | 0001 | MTC-00006657
Edwards, Bill | 0001 | MTC-00022157
Edwards, James H. | 0001 | MTC-00013481
Edwards, John | 0001 | MTC-00021710
Edwards, John | 0001 | MTC-00023130
Edwards, Kelsey | 0002 | MTC-00016090
Edwards, Richard | 0001 | MTC-00023438
Edwards, Robert | 0001 | MTC-00012648
Edwards, Robert | 0001 | MTC-00032812
eeh8@ juno.com | 0001 | MTC-00011111
efdpvb@ aol.com | 0001 | MTC-00011408
Effort, Max | 0001 | MTC-00009274
Efron, Morton L. | 0001 | MTC-00008579
Egertrys@ juno,com | 0001 | MTC-00010911
Eggleston, Elliott | 0001 | MTC-00019470
Egide, Rita | 0001 | MTC-00021330
Eguia, C | 0001 | MTC-00014283
Eguia, Candelario | 0001 | MTC-00009105
ehickson@ yahoo.com | 0001 | MTC-00016011
Ehl, Jane | 0001 | MTC-00032421
Ehrenford, Frank | 0001 | MTC-00027035
Ehrenpreis, Charles | 0001 | MTC-00032603
Ehrhardt, Horst | 0001 | MTC-00012294
Eich, Jack | 0001 | MTC-00029340
Eide, John | 0001 | MTC-00012532
Eidelberg, Tal | 0002 | MTC-00033835
Eilbaum, David | 0002 | MTC-00032178
Eisenback, Marilyn | 0001 | MTC-00026263
Eisenberg, Dan | 0001 | MTC-00029190
Eisenhardt, Derrick | 0001 | MTC-00013953
Eizenhoefer, Richard | 0001 | MTC-00014839
Eklund, Jim | 0001 | MTC-00023195
Elam Family | 0001 | MTC-00024546
Elder, Don | 0002 | MTC-00021526
Eldridge, Adelbert | 0001 | MTC-00020985
Eldridge, Kevin S. | 0001 | MTC-00013763
Elias, Cheryl | 0001 | MTC-00021381
Elkins III, Edmund H. | 0001 | MTC-00013979
Ellch, Jon | 0001 | MTC-00016434
Elle, John | 0001 | MTC-00020266
Eller, Clayton | 0001 | MTC-00013300
Elliot, Becky | 0001 | MTC-00010034
Elliot, Luke | 0001 | MTC-00032861
Elliott, Lefa | 0001 | MTC-00023279
Ellis, George | 0001 | MTC-00005773
Ellis, Jack | 0001 | MTC-00022398
Ellis, Jerry | 0002 | MTC-00032190
Ellis, Jerry | 0002 | MTC-00032465
Ellis, Richard | 0001 | MTC-00012225
Ellison, Lloyd | 0001 | MTC-00022192
Ellison, Lloyd | 0001 | MTC-00022195
Elson, Elson | 0001 | MTC-00023683
Emard, Kathleen | 0001 | MTC-00023959
emares | 0004 | MTC-00019568
emerk@ gte.net | 0001 | MTC-00011418
Emery, Al | 0001 | MTC-00014618
Emmerick, Brooke | 0034 | MTC-00028686
emmert@ web-access.net | 0001 | MTC-00010906
Emmons, E. Lamar | 0001 | MTC-00021009
emory@ iquest.net | 0001 | MTC-00028128
emoss@ agloan.com | 0001 | MTC-00028623
Empresas | 0001 | MTC-00000654
EMWKM | 0001 | MTC-00018897
Enders, Amy | 0001 | MTC-00016313
Enders, Edward | 0001 | MTC-00006116
Enders, Win B. | 0001 | MTC-00012115
Endres, Julie | 0001 | MTC-00022598
Engasser, Cheryl | 0001 | MTC-00032784
Engelman, John | 0001 | MTC-00022677
Engfer, Oscar | 0001 | MTC-00032730
Engfer, Oscar | 0001 | MTC-00032953
Engler, Edward L. | 0001 | MTC-00005648
Engstrom, William | 0001 | MTC-00006762
Enos, Sharon | 0001 | MTC-00021615
Enright, Carol | 0001 | MTC-00029124
Enright, John | 0001 | MTC-00032729
Enterkin, Carl | 0001 | MTC-00022492
epssr | 0001 | MTC-00025177
eragace@ juno.com | 0001 | MTC-00011139
Eranko, Edward | 0002 | MTC-00032172
Erdman, Jan | 0001 | MTC-00022798
Eresoy, Kurt | 0001 | MTC-00007427
Erhardt, Horst | 0001 | MTC-00022464
Eric | 0001 | MTC-00017360
eric@ mns.com | 0001 | MTC-00011431
eric@ northcomp.com | 0001 | MTC-00024815
Erickson, J. | 0001 | MTC-00015431
Erickson, Thayne | 0001 | MTC-00008839
Ericson, Paul | 0001 | MTC-00012377
Erk, Vivienne | 0002 | MTC-00032493
erkkifin@ mfi.net | 0001 | MTC-00011317
Erlichman, David | 0001 | MTC-00022794
Ertzbischoff, Dennis | 0001 | MTC-00009805
Ervin, James | 0001 | MTC-00027631
Ervin, Mike | 0001 | MTC-00008905
Esanmiguel@ aol.com | 0001 | MTC-00005998
Escoto, Ben | 0001 | MTC-00024534
Eshelman, Alan | 0001 | MTC-00002393
Eskelin, John L. | 0001 | MTC-00011981
Eskimopup@ aol.com | 0001 | MTC-00005625
Esmarrin@ aol.com | 0001 | MTC-00011549
Esot1@ aol.com | 0001 | MTC-00015900
Ess, Mike | 0001 | MTC-00012050
Estes, Guy E. | 0001 | MTC-00008763
Esty, Ryan | 0001 | MTC-00003511
Eugene | 0001 | MTC-00014304
Eujen, Leland | 0002 | MTC-00033057
Evanko, Edward | 0002 | MTC-00032509
Evans, Ann | 0003 | MTC-00004996
Evans, E.R. | 0001 | MTC-00001031
Evans, Gerry | 0001 | MTC-00033803
Evans, Holly | 0002 | MTC-00032285
Evans, Matthew J. | 0001 | MTC-00014917
Evans, paul | 0001 | MTC-00014378
Evans, Tom | 0001 | MTC-00032989
evdon2@ juno.com | 0001 | MTC-00011118
Eveland, Mike | 0001 | MTC-00004336
Evenson, Gary | 0001 | MTC-00032564
evzonegeorge@ juno.com | 0001 | MTC-00011121
Ewan, James | 0001 | MTC-00013125
Ewing, Carolyn | 0001 | MTC-00026441
Ewrin, Jeff | 0002 | MTC-00006734
Exile in Paradise | 0002 | MTC-00003447
Ezar, Joseph | 0001 | MTC-00032928
Faas, Vicki | 0001 | MTC-00025651
Fabish, Thomas J. | 0001 | MTC-00006346
Fabretti, Ronald | 0001 | MTC-00020505
Fabrizio, Robert | 0002 | MTC-00032229
Fair, Dale | 0001 | MTC-00021629
FalcD@ aol.com | 0001 | MTC-00009104
Falcon | 0001 | MTC-00000902
falconbridge44@ earthlink.net | 0001 | MTC-00015974
Falkenstein, Jeff | 0001 | MTC-00003303
Falls, Holly | 0001 | MTC-00033615
Familia Sosa | 0003 | MTC-00000235
Familiar, Bob | 0002 | MTC-00032306
familiar@ acm.org | 0001 | MTC-00010932
Fangoons, Henry | 0001 | MTC-00012657
Fantasiezz, Carol | 0001 | MTC-00000275
Faquhar, Barry | 0001 | MTC-00013130
FarhnerB@ aol.com | 0001 | MTC-00008287
Farley, Eileen | 0001 | MTC-00013023
Farmer, Ronald | 0001 | MTC-00012485
Farner, Wyonia R. | 0001 | MTC-00011737
Farnham, Jeff | 0001 | MTC-00032856
Farral, Steve | 0001 | MTC-00020387
Farson, Helen | 0001 | MTC-00023862
Farson, Helen | 0002 | MTC-00032211
Farthing, Keith | 0001 | MTC-00011856
Faulconer, Philip W. | 0001 | MTC-00019824
Faulhaber, Bob | 0001 | MTC-00014112
Faulkner, Frederick | 0002 | MTC-00033102
Fausett, Shane | 0001 | MTC-00009202
Favazzo, Vincent | 0001 | MTC-00023416
Fay, Thomas J. | 0001 | MTC-00009445
Faye, Donna | 0001 | MTC-00009400
Fearis, DavidIII | 0001 | MTC-00029118
Fears, Dave | 0002 | MTC-00003349
Feazel, Terry | 0001 | MTC-00027264
Fedders, David | 0001 | MTC-00011863
Feddirko, George | 0001 | MTC-00021564
Fedor, Janis | 0001 | MTC-00021017
Fedrigon, Don | 0001 | MTC-00027053
Feeney, Brian | 0001 | MTC-00025569
Feeney, Robert | 0001 | MTC-00008413
Feero, Robert | 0001 | MTC-00022126
Feild, James | 0002 | MTC-00032471
Feingold, Vera | 0002 | MTC-00009646
Feldbauer, Robert | 0001 | MTC-00017083
Felder, Clifford | 0001 | MTC-00002559
Feldman, Geoffrey | 0001 | MTC-00006151
Feldman, Geoffrey | 0001 | MTC-00026157
Felice, Mary | 0001 | MTC-00006579
Felix, Frances | 0001 | MTC-00015074
Fell, Steven | 0001 | MTC-00018916
Feller, Joy | 0001 | MTC-00023059
Fellows, Robert T. | 0001 | MTC-00011668
Felmey, Kathleey | 0001 | MTC-00027541
Felton, James E. | 0003 | MTC-00024076
Fenchek, Jack | 0001 | MTC-00020893
Fenchel, Jack | 0001 | MTC-00007360
Fenchel, Jack | 0002 | MTC-00005017
Fenerty, Patrick | 0001 | MTC-00020533
Fennell, Brian | 0001 | MTC-00013319
Fenrich, Joyce | 0001 | MTC-00022022
Fenske, Marcella | 0001 | MTC-00000601
Fenske, Marcella | 0001 | MTC-00005982
Fenske, Marcella | 0001 | MTC-00005999
Fenton, Dave | 0001 | MTC-00010747
Fenton, Jeanette | 0001 | MTC-00022728
Fenwick, David | 0001 | MTC-00020435
Ferebee, Charles | 0002 | MTC-00032289
Ferguson, Jay | 0001 | MTC-00007398
Ferguson, Michael | 0001 | MTC-00004856
Ferguson, Pat | 0001 | MTC-00008766
Ferguson, RA | 0001 | MTC-00020799
Ferguson, Steven | 0001 | MTC-00020434
Ferkaluk, Mary Lynn | 0001 | MTC-00020170
Fernandes, Michael | 0001 | MTC-00022760
Ferragut, Ted | 0001 | MTC-00003255
Ferraro, James | 0001 | MTC-00020950
Ferraro, James A. | 0001 | MTC-00011254
Ferrell, Eddie | 0001 | MTC-00020229
Ferris, Nathan | 0001 | MTC-00021984
Ferris, Nathan | 0001 | MTC-00021990
Feverbacher, Dennis | 0002 | MTC-00016475
Fghewitt@ juno.com | 0001 | MTC-00028118
fghill@ hotmail.com | 0001 | MTC-00028633
Fick, Dwain | 0001 | MTC-00029217
Fiddelke, Scott | 0001 | MTC-00015529
Fiechter, Fred | 0001 | MTC-00008292
Field, John | 0001 | MTC-00032952
Field, Ken | 0001 | MTC-00000665
Fields, Joseph John | 0001 | MTC-00007448
Fields, Scott | 0001 | MTC-00023571
fighterpilot@ home.com | 0001 | MTC-00010359
Figley, Larry | 0001 | MTC-00012457
Figone, Robert | 0001 | MTC-00011175
Filiatreau, Elizabeth | 0001 | MTC-00020550
Filler, Mark G. | 0001 | MTC-00005671
Fillmore, Scott J. | 0001 | MTC-00005739
Filson, Ian | 0001 | MTC-00026254
Finch, Chip | 0001 | MTC-00019856
Finegan, R. | 0001 | MTC-00022757
Fineman, Mel | 0002 | MTC-00033305
Fink, Lois | 0001 | MTC-00021582
Finley, David | 0001 | MTC-00022002
Finley, Gregg E. | 0001 | MTC-00012228
Finn, Brian | 0001 | MTC-00018473
Finn, Ronald K. | 0001 | MTC-00028273
Finney, Sean | 0001 | MTC-00023984
Finnigan, Peter | 0001 | MTC-00012997
Finortis | 0005 | MTC-00004818
Fiocco, Kim | 0001 | MTC-00010037
Firesen, Harlan | 0001 | MTC-00029495
firstaborea@ worldnet.att.net | 0001 | MTC-00010909
Fisch, Edwin | 0002 | MTC-00033132
Fischer, Robert | 0002 | MTC-00004931
Fish, John | 0001 | MTC-00021764
Fisher, Charles | 0001 | MTC-00011840
Fisher, David | 0001 | MTC-00029027
Fisher, David | 0001 | MTC-00009992
Fisher, Dennis | 0002 | MTC-00033107
Fisher, Hank | 0001 | MTC-00019071
Fisher, Marc | 0001 | MTC-00019523
Fisher, Mary | 0001 | MTC-00020292
Fisher, Mel | 0001 | MTC-00003279
Fisher, Mike | 0001 | MTC-00006574
Fisher, Steve | 0001 | MTC-00004884
Fisher, Tom | 0001 | MTC-00012209
Fisher, Wayne | 0001 | MTC-00020350
Fisk, Bill | 0001 | MTC-00009146
Fisk, Criag | 0001 | MTC-00000881
Fisk, Gwen | 0002 | MTC-00032220
Fisk, Gwen | 0001 | MTC-00011170
Fite, Billy | 0002 | MTC-00026060
Fitterer, Dylan | 0001 | MTC-00018674
Fitts, Darrell | 0001 | MTC-00023175
Fitzgerald, Shawn | 0001 | MTC-00021082
Fitzgerald, Thomas | 0001 | MTC-00022608
Fitzhugh, Linda | 0001 | MTC-00012213
Fitzpatrick, Adrian | 0001 | MTC-00020949
Fitzpatrick, D. | 0001 | MTC-00005700
Fitzsimmons, Bob | 0001 | MTC-00011875
Fitzsimmons, Richard | 0001 | MTC-00008186
Flagg, Richard | 0001 | MTC-00000972
Flahenty, Stephen | 0001 | MTC-00032595
Flaherty, Stephen | 0001 | MTC-00032549
Flaherty, Stephen | 0001 | MTC-00032981
Flake, George | 0001 | MTC-00012714
Flanagan, Richard | 0001 | MTC-00031938
Flanegan, Sean | 0001 | MTC-00012844
Flanigan, George | 0001 | MTC-00032844
Flatray, David | 0001 | MTC-00020402
Fleeman, Doby | 0001 | MTC-00026179
Fleet, Ray and Ruby | 0001 | MTC-00010047
Fleming, Bob | 0001 | MTC-00020535
Fleming, Bob | 0001 | MTC-00005934
Fleming, Jaclyn | 0001 | MTC-00032609
Fletcher, Elizabeth | 0001 | MTC-00004326
Fletcher, Nick | 0001 | MTC-00026463
Fleur | 0001 | MTC-00011150
Flint, Margaret | 0001 | MTC-00013726
Flint, William | 0001 | MTC-00021865
Flores, Carina F. | 0002 | MTC-00029053
Flores, Richard | 0002 | MTC-00011217
Florian | 0001 | MTC-00025698
Flower, David | 0001 | MTC-00023732
Flowers, Bobbie Dee | 0001 | MTC-00011182
Flowers, Christan | 0001 | MTC-00022912
Floyd, Charles | 0002 | MTC-00002316
Floyd, Scott | 0001 | MTC-00023497
Flynn, Christopher | 0001 | MTC-00017068
Flynn, Eileen | 0002 | MTC-00032491
Flynn, Hank | 0001 | MTC-00006779
Flynn, Hugh | 0002 | MTC-00032487
Flynt, Rob | 0001 | MTC-00025617
Fochler, Jerry | 0001 | MTC-00014142
Foerster, Steve | 0001 | MTC-00011365
Foertsch, Bryan | 0001 | MTC-00006536
Fogle, Michelle | 0001 | MTC-00032886
Foley, Michale | 0001 | MTC-00028790
Folino, John | 0001 | MTC-00007965
Follmer, Fred | 0002 | MTC-00013692
Folmar, Willson | 0001 | MTC-00032643
Folz, Gary L. | 0001 | MTC-00000704
Fonner, Jean | 0001 | MTC-00022087
Forbes, Tamela | 0001 | MTC-00025740
Ford, Alan M. | 0002 | MTC-00027914
Ford, Clayton | 0001 | MTC-00023843
Ford, Lindsey | 0001 | MTC-00007836
Ford, Ronald T. | 0001 | MTC-00011239
Fordham, Jean | 0001 | MTC-00032769
Forish, Jason | 0002 | MTC-00032294
Foropoulos, Lee | 0001 | MTC-00007308
Forray, George | 0001 | MTC-00032787
Forrest, Victoria | 0003 | MTC-00009620
Forrester, James | 0001 | MTC-00018988
Forry, MaryAnn | 0001 | MTC-00021171
Fortain, Eugene | 0001 | MTC-00033370
Fortenbery, Jasper | 0001 | MTC-00010045
Fortman, Steven | 0001 | MTC-00023071
Fortuna, Grace | 0001 | MTC-00029187
Foss, Joyce | 0001 | MTC-00025375
Foster, Charles W. | 0001 | MTC-00020247
Foster, George | 0001 | MTC-00023020
Foster, John | 0001 | MTC-00013524
Foster, Ludmila | 0001 | MTC-00012298
Foster, Stan | 0001 | MTC-00008486
Foster, William | 0001 | MTC-00029214
Fosterknows, Ahe | 0001 | MTC-00027392
Fountain, Stephen | 0001 | MTC-00024717
four5zero@ yahoo.com | 0001 | MTC-00018012
Foushee, David | 0001 | MTC-00023167
Fouts, Keith | 0001 | MTC-00011846
Fouts, Keith | 0001 | MTC-00009444
Fowler, David | 0001 | MTC-00023277
Fowler, Jon | 0001 | MTC-00004039
Fowler, Monty | 0001 | MTC-00032619
Fowler, Sandi | 0001 | MTC-00011739
Fox, Brian | 0001 | MTC-00014373
Fox, Donna | 0001 | MTC-00023325
FOx, Donna | 0001 | MTC-00028965
Fox, Frank | 0001 | MTC-00006969
Fox, Frank | 0002 | MTC-00023815
Fox, Gail | 0001 | MTC-00011964
Fox, Gordon | 0001 | MTC-00028548
Fox, Patricia | 0001 | MTC-00021207
Foxx, Stephen | 0001 | MTC-00032783
Frady, Terry | 0001 | MTC-00024012
Frahm, Anna | 0002 | MTC-00033235
Fraim, Jane | 0001 | MTC-00021035
Frake, Victor S. | 0001 | MTC-00008457
Francis, Bradley C. | 0001 | MTC-00009404
Frangos, Anarg Z. | 0001 | MTC-00005169
Frank, John | 0001 | MTC-00009851
Frank, Richard John | 0001 | MTC-00008204
Frank, Richard John | 0001 | MTC-00008888
Frank, William M. | 0001 | MTC-00001187
Franke, James | 0002 | MTC-00032474
Frankenfield, Jason | 0001 | MTC-00010110
Frankenfield, Samuel | 0002 | MTC-00033326
Frankford, Matt | 0001 | MTC-00011062
Franki, John | 0001 | MTC-00025418
Franklin, Dennis | 0001 | MTC-00023578
Franklin, Doc | 0001 | MTC-00022008
Franklin, William | 0001 | MTC-00006468
frankr@ bigfoot.com | 0001 | MTC-00015949
Franks, Jerry | 0001 | MTC-00012186
Frantz, Elaine | 0001 | MTC-00023464
Frantz, Ronald S. | 0001 | MTC-00011915
Frantzen, Karen | 0001 | MTC-00021820
Franzetti, John | 0001 | MTC-00022340
Fraser, Thomas | 0001 | MTC-00032907
Frazier, Albion | 0001 | MTC-00010043
Frazier, Robert D. | 0001 | MTC-00027893
Fredericks, Florence | 0001 | MTC-00028532
Fredricks, Bill | 0001 | MTC-00002788
Freed, Aaron | 0001 | MTC-00008730
Freeman, David | 0005 | MTC-00012598
Freeman, Diane | 0001 | MTC-00011607
Freeman, Diane & Roland | 0001 | MTC-00008275
Freeman, Jean | 0001 | MTC-00012258
Freeman, Jennifer | 0001 | MTC-00012278
Freeman, Michael | 0001 | MTC-00012296
Freeman, Ted | 0001 | MTC-00007073
Freeman, Terrance A | 0001 | MTC-00022099
Freguson, Steven | 0001 | MTC-00020243
Freise, Pauline | 0001 | MTC-00004130
French, Arlene | 0001 | MTC-00009078
French, George | 0001 | MTC-00026054
French, Marty | 0002 | MTC-00032536
Freund, Dolores | 0001 | MTC-00005245
Freund, Dolores | 0001 | MTC-00010342
Frick, Nola | 0001 | MTC-00013659
Fricke, Lucille | 0001 | MTC-00023190
Fricke, Robert | 0001 | MTC-00032732
Friedland, Tom | 0001 | MTC-00000265
Friedman, tom | 0002 | MTC-00032281
Friedman, Tom | 0002 | MTC-00032515
Friedrich, James | 0002 | MTC-00033302
Friesen, Jerry | 0002 | MTC-00033284
Fris, John | 0001 | MTC-00006629
Frisbie, James | 0002 | MTC-00033115
Fritschi, George | 0001 | MTC-00021187
Fritschmann, June | 0001 | MTC-00023079
Fritz, Jim | 0001 | MTC-00026031
Fritz, Ronald E. | 0001 | MTC-00029532
Froderberg, Al | 0001 | MTC-00012083
Frost, Joan | 0002 | MTC-00033127
Frost, Keith | 0001 | MTC-00018389
Fruits, Ann | 0001 | MTC-00021107
Fruth, Larry | 0002 | MTC-00033024
Fry, Eddie | 0001 | MTC-00013223
Fry, Marilyn Diane | 0001 | MTC-00023192
Fry, Michael | 0001 | MTC-00023219
Fry, Michael | 0001 | MTC-00012205
Fryer, Ricahrd | 0001 | MTC-00020849
Fryk, Dan | 0001 | MTC-00021725
fsalzone@ suffolk.lib.ny.us | 0001 | MTC-00028183
FSSALIM@ aol.com | 0001 | MTC-00013121
fubecao@ juno.com | 0001 | MTC-00010919
Fuessel, Kelly | 0001 | MTC-00012628
Fuessel, Sue | 0001 | MTC-00010079
Fujioka, Frank | 0001 | MTC-00005988
Fuller, Chris | 0001 | MTC-00020602
Fuller, Nancy | 0001 | MTC-00020609
Fuller, Wm G | 0001 | MTC-00010753
fultonswe@ rcia.com | 0001 | MTC-00010467
Funa, Ernesto | 0001 | MTC-00011213
Funa, Ping | 0001 | MTC-00011223
Funair, Joseph | 0001 | MTC-00005789
Funds, Karl | 0001 | MTC-00006171
Funk, Erik N. | 0001 | MTC-00012056
Funk, Kendall | 0001 | MTC-00012196
Fusco, Americo A. | 0001 | MTC-00029131
Futrell, William | 0001 | MTC-00013038
fwcourington@ foxinternet.net | 0001 | MTC-00010348
g-mon | 0001 | MTC-00007346
g.weess@ worldnet.att.net | 0001 | MTC-00028148
Gabbert, Janice | 0002 | MTC-00033314
Gabel, William E | 0001 | MTC-00011746
Gaber, Scott | 0001 | MTC-00003269
Gabriele, Anthony | 0001 | MTC-00012506
Gabriele, John | 0001 | MTC-00001200
Gabrielle, Mark | 0001 | MTC-00005608
Gadd, Robert | 0001 | MTC-00006179
Gafour, Peang | 0001 | MTC-00024061
Gagnebin, Jean-Claude | 0001 | MTC-00023168
Gainer, Matt | 0001 | MTC-00029281
Gaines, James F. | 0001 | MTC-00011968
Gaines, James F. | 0001 | MTC-00005743
Gaines, Jim | 0001 | MTC-00032847
Gaines, Shirley | 0001 | MTC-00022674
Galbraith, B. F. | 0001 | MTC-00004266
Galbraith, Wendell | 0001 | MTC-00004769
Galburt, Paula Jean | 0001 | MTC-00009288
Galli | 0001 | MTC-00009368
Gallup, Keith | 0002 | MTC-00032337
Gallup, Keith | 0002 | MTC-00032459
Galvin, Sean | 0001 | MTC-00029965
Gam, David | 0001 | MTC-00005944
GAMatthews03@ aol.com | 0001 | MTC-00009849
Gamboa, Ricky | 0001 | MTC-00011215
Gammel, Walter | 0001 | MTC-00032753
Gandini, Mauro | 0001 | MTC-00005248
Ganeva, Jennifer | 0001 | MTC-00032571
Garber, Daniel | 0001 | MTC-00028940
Garcia, Jose | 0001 | MTC-00024503
Garcia, Joseph | 0001 | MTC-00013222
Garcia, Leo | 0001 | MTC-00006525
Garcia, Oscar | 0001 | MTC-00022935
Gardini, Mauro | 0001 | MTC-00011198
Gardner, Del | 0001 | MTC-00009791
Gardner, Donald | 0001 | MTC-00020327
Gardner, Faye | 0002 | MTC-00033216
Gardner, Huland B. | 0001 | MTC-00029300
Gardner, jack | 0001 | MTC-00009065
Gardner, Jerry | 0001 | MTC-00024587
Gardner, Lawrence | 0001 | MTC-00020545
Gardner, Mike | 0001 | MTC-00012982
Gardner, Robert | 0001 | MTC-00026794
Gardner, Russell | 0002 | MTC-00033203
Gardner, Sallie | 0001 | MTC-00023226
Gardner, Tom | 0001 | MTC-00027997
Garfield, Rachel | 0001 | MTC-00021146
Gariepy, Alonzo | 0002 | MTC-00027904
Garlow, Wynne | 0002 | MTC-00008778
Garner, Robert | 0001 | MTC-00008785
Garrett, Bill | 0001 | MTC-00022466
Garrett, Howard | 0002 | MTC-00033105
Garrett, Jeff | 0001 | MTC-00012968
Garrison, Cherry S. | 0001 | MTC-00027998
Garthwaite, Judy | 0001 | MTC-00020450
Garvin, Elton | 0001 | MTC-00029490
Gary, Jean | 0002 | MTC-00032314
garypr7265@ worldnet.att.net | 0007 | MTC-00000652
Gaskill, Wendy | 0001 | MTC-00032978
Gast, Donna | 0001 | MTC-00025358
Gastineau, Arlen | 0001 | MTC-00012307
Gatchell, Shawn | 0001 | MTC-00017891
Gates, Fred | 0001 | MTC-00012667
Gates, Fred and Ginny | 0001 | MTC-00020504
Gates, Harold | 0001 | MTC-00023428
Gates, Harold | 0001 | MTC-00023429
Gates, Margaret | 0001 | MTC-00023923
Gates, Tom | 0001 | MTC-00005963
Gatewood, Edward | 0001 | MTC-00023364
Gatlin, Brooks | 0002 | MTC-00022249
Gatti, Tony | 0001 | MTC-00012943
Gatti, Tony | 0001 | MTC-00020674
Gault, Brian | 0001 | MTC-00028789
Gault, Grace | 0002 | MTC-00033281
gbaron@ e2net.net | 0001 | MTC-00024291
GBauer4966@ aol.com | 0001 | MTC-00026053
gccoor@ aol.com | 0001 | MTC-00017293
GDPUCK@ aol.com | 0001 | MTC-00007372
Gebhard, Manfred | 0001 | MTC-00001090
Geddis, P. M. | 0001 | MTC-00023075
geek@ geekculture.com | 0001 | MTC-00032124
Geers, Frederick | 0001 | MTC-00017710
gehevler@ verizon.net | 0001 | MTC-00028057
Gehman, W. Roger | 0001 | MTC-00012027
Geissler, E. | 0001 | MTC-00032667
Gelat, Elias | 0001 | MTC-00011040
Gelfand, Elaine | 0001 | MTC-00023648
Gelgard, Grant | 0001 | MTC-00025020
Geller, Eli | 0001 | MTC-00021801
Geller, Myer | 0001 | MTC-00029623
gelliott@ bigskytel.com | 0001 | MTC-00028616
Gentile, Marco | 0001 | MTC-00032766
Gentile, Michael | 0001 | MTC-00006724
Geoeva@ aol.com | 0001 | MTC-00001030
Geohegan, Paul | 0001 | MTC-00010179
George and Michele | 0001 | MTC-00016478
George, Howard | 0002 | MTC-00032505
Georgeff, Gabriel | 0001 | MTC-00009415
Georgen, Jim and Louise | 0002 | MTC-00033256
Geraghty, John | 0001 | MTC-00023400
Geraux | 0001 | MTC-00000009
Gerber, John | 0001 | MTC-00012165
Gerimino Jr., T. P. | 0001 | MTC-00007577
Gerlach, Edward | 0001 | MTC-00026567
German, Glenn | 0002 | MTC-00032139
gerry162002@ yahoo.com | 0001 | MTC-00029099
gerry@ bgni.com | 0001 | MTC-00012736
Gerst, Jeff | 0001 | MTC-00013315
Gervais, Jean-Claude | 0001 | MTC-00000571
geschmierer | 0001 | MTC-00025175
Getz, John E. | 0001 | MTC-00023335
Geudner, Michael A. | 0001 | MTC-00010281
Ghaffari, Elizabeth | 0001 | MTC-00003997
Ghilain, James | 0001 | MTC-00021471
Gialamas, Leslie | 0002 | MTC-00027395
Gialloernzo, Patrick A. | 0001 | MTC-00025875
Gianni, Lyn | 0001 | MTC-00006387
Gibbons, Judi | 0001 | MTC-00011897
Gibbons, William | 0001 | MTC-00012488
Gibbons, William | 0001 | MTC-00021652
Gibbs, Ivan J. | 0001 | MTC-00024917
Gibby, Bruce | 0001 | MTC-00014806
GibIB@ aol.com | 0001 | MTC-00012014
Gibson, D. L. | 0001 | MTC-00020100
Gibson, David | 0001 | MTC-00020819
Gibson, Dianna | 0001 | MTC-00011933
Gibson, Hazel | 0001 | MTC-00012636
Gibson, Joseph W. | 0001 | MTC-00000727
Gibson, Loretta | 0001 | MTC-00020610
Gibson, Robert | 0001 | MTC-00006500
Gibson, robert | 0001 | MTC-00011541
Gibson, Sue | 0001 | MTC-00014426
Gibson, Virginia | 0001 | MTC-00029445
Gibson, W. David | 0001 | MTC-00013516
Giese, Bob | 0001 | MTC-00008500
Giesey, John | 0001 | MTC-00012171
Giesler, Michael | 0001 | MTC-00011038
Gifford, Erika | 0001 | MTC-00011928
Giffords, Robert | 0001 | MTC-00022888
Gignilliat, Elaine | 0001 | MTC-00025988
Gilbert, Christine | 0001 | MTC-00012989
Gilbert, Maureen | 0001 | MTC-00026258
Gilbertson, Jim | 0001 | MTC-00020159
Gildea, Helen | 0001 | MTC-00009200
Giles, Gordon | 0001 | MTC-00013649
Gill, Anthony | 0001 | MTC-00032977
Gille, Anne | 0002 | MTC-00033274
Gillean, Andrew | 0001 | MTC-00004544
Gillenwater, Carol | 0001 | MTC-00023849
Gillespie, Dick | 0001 | MTC-00022787
Gillespie, James | 0001 | MTC-00021131
Gillett, Joan | 0001 | MTC-00012356
Gillette, Janet | 0001 | MTC-00029288
Gilliland, Bill | 0001 | MTC-00018553
Gillis, John | 0002 | MTC-00033248
Gilmer, Lyn | 0001 | MTC-00007792
Gilstrom, Lars | 0001 | MTC-00014842
Gimse, Jo and James | 0001 | MTC-00026664
ginin | 0001 | MTC-00007737
Gioffre, Edward | 0001 | MTC-00006003
Giovannini, John | 0001 | MTC-00009182
Giramma, Robert | 0001 | MTC-00024530
Girdner, Rick | 0001 | MTC-00008991
Gish, Lloyd | 0001 | MTC-00021860
Giza, Joe | 0002 | MTC-00032283
Gjmoran@ msn.com | 0001 | MTC-00011395
gkern | 0003 | MTC-00025842
Gkern | 0001 | MTC-00018826
Glandiel, Robert | 0001 | MTC-00010313
Glass, Steve | 0001 | MTC-00008587
Glauser, Kath | 0001 | MTC-00032754
Gleason, Truman J. | 0001 | MTC-00023939
Glegg, Donald C. | 0001 | MTC-00028034
Glenday, George A. | 0001 | MTC-00025000
Glenn, Mary Jo | 0001 | MTC-00021003
Glimar, Leandro | 0001 | MTC-00003490
Glover, Joshua | 0002 | MTC-00018470
Gloyna, Emmett | 0001 | MTC-00025640
Gloyna, Emmett | 0001 | MTC-00025641
gmarshall@ bkiusa.com | 0001 | MTC-00021987
Gneywitt, Christina | 0001 | MTC-00025148
Gobin, Betty Jean | 0001 | MTC-00021813
Gochnauer, Bobby | 0001 | MTC-00012476
Goday, Jorge | 0001 | MTC-00027969
Goddard, Tommy | 0001 | MTC-00028825
Godfrey, Keith | 0001 | MTC-00009332
Godinez, Lydia | 0001 | MTC-00029463
Godoy, Gustavo | 0002 | MTC-00029749
Godwin, George | 0001 | MTC-00012285
Godwin, George | 0001 | MTC-00029231
Goemaat, Jeremy | 0002 | MTC-00032233
Goers, Ronald | 0002 | MTC-00006455
Goetsch, Paul | 0001 | MTC-00012090
Goetz, Joyce | 0001 | MTC-00025697
Goewey, West | 0001 | MTC-00010659
Goff, C.B. | 0001 | MTC-00011722
Goff, Kenneth | 0001 | MTC-00011802
gogadgetstubbscnetscape.net | 0001 | MTC-00028152
Goins, Bill | 0001 | MTC-00027107
Gold, Lawrence | 0001 | MTC-00012207
Goldbach, Jeanne | 0001 | MTC-00013663
Goldberg, Adrian | 0001 | MTC-00010796
Golden, Henry | 0001 | MTC-00012646
Golden, Kenneth | 0002 | MTC-00032174
Golden, Kenneth | 0002 | MTC-00032467
Goldmacher, Steven | 0001 | MTC-00032778
Goldne, Yvonne | 0001 | MTC-00012654
Goldner, Lynnette | 0003 | MTC-00003955
Goldston, Bill | 0001 | MTC-00023144
goliver@ kih.net | 0001 | MTC-00028170
Goltl, Evan | 0001 | MTC-00024017
Golubovich, Milorad | 0002 | MTC-00025532
Golubski, Kenneth | 0002 | MTC-00032280
Gomez, Fausto | 0002 | MTC-00029738
Gomez, Nile | 0001 | MTC-00012251
Gomloos, Frank | 0001 | MTC-00025382
Gomm, Lola and Thiel | 0001 | MTC-00020283
Gonie, Joseph | 0001 | MTC-00012643
Gonjon, Quincin | 0001 | MTC-00004885
Gonjon, Quinein | 0001 | MTC-00004920
Gonya, Austin | 0001 | MTC-00029169
Gonzales, Art | 0001 | MTC-00003393
Gonzales, Eugene | 0001 | MTC-00023209
Gonzales, Jerry | 0001 | MTC-00013261
Gonzales, Jerry | 0001 | MTC-00006649
Gonzalez, Salvador | 0001 | MTC-00015038
Good, Fred | 0001 | MTC-00013592
Goodall, Caroline | 0001 | MTC-00029460
Goode, Bill | 0001 | MTC-00010061
Goode, Bill | 0001 | MTC-00012710
Goodman, Kintey C. | 0001 | MTC-00019917
Goodpaster, Robert L. | 0001 | MTC-00010660
Goodrich, Edward | 0001 | MTC-00024914
Goodson, Joe | 0001 | MTC-00010090
Goodwill, R. E. | 0001 | MTC-00008706
Goodwin, Gerald | 0007 | MTC-00010688
Goodwin, James | 0001 | MTC-00021422
Goodwin, John | 0001 | MTC-00022509
Goodwyn, Robert | 0001 | MTC-00032906
Goorey, Robert | 0001 | MTC-00013673
Gordon, David | 0001 | MTC-00012429
Gordon, Ethel | 0001 | MTC-00020976
Gorham, John | 0001 | MTC-00022463
Gorman, Doug | 0001 | MTC-00009237
Gorrell, Michael | 0001 | MTC-00000722
Gosh, Randall | 0001 | MTC-00012321
Gosnell, D. | 0001 | MTC-00009194
Gosselin, Donald E. and Blande | 0001 | MTC-00014242
Gossett, David | 0197 | MTC-00028684
Gothdove@ att.net | 0001 | MTC-00011181
Gott, Jack | 0001 | MTC-00019135
Gott-Dinsmore, Stefanie | 0001 | MTC-00015273
Gottshalk, Tom | 0001 | MTC-00011687
Gotuaco, Betty | 0001 | MTC-00006196
Gould, A.R. | 0001 | MTC-00021134
Gould, Dave | 0001 | MTC-00011250
Govern, Michael | 0001 | MTC-00006270
Govern, Michael | 0001 | MTC-00012777
Gowens, Daniel | 0001 | MTC-00023772
Goyen, Pat | 0001 | MTC-00014179
gppatnude@ juno.com | 0001 | MTC-00005992
GR121000@ aol.com | 0001 | MTC-00011693
Graczykowski, Peter | 0001 | MTC-00012658
Graham, Bonnie | 0001 | MTC-00023741
Graham, David | 0001 | MTC-00009536
Graham, Deron | 0001 | MTC-00017511
Graham, Ward | 0001 | MTC-00021903
Graichen, Othniel | 0004 | MTC-00028735
Gramze, Cathrine | 0001 | MTC-00019546
Grande, Mario | 0001 | MTC-00006185
Grant, Richard | 0002 | MTC-00033313
Grantham, Daniel Jr. | 0001 | MTC-00021058
Grantham, David | 0001 | MTC-00024730
Gratz, W.W. (Bill) | 0001 | MTC-00031322
Grave, Sally | 0002 | MTC-00032272
Gravel, Robert | 0001 | MTC-00012118
Graves, Richard | 0002 | MTC-00032225
Graves, Richard | 0002 | MTC-00032458
Gray, Bernice | 0001 | MTC-00027078
Gray, Cynthia | 0001 | MTC-00012944
Gray, David | 0001 | MTC-00013248
Gray, David | 0001 | MTC-00022915
Gray, David | 0002 | MTC-00032238
Gray, Tim | 0001 | MTC-00016866
Gray, Willis | 0001 | MTC-00012170
Graybash, Peter | 0001 | MTC-00013242
Greaney, George | 0002 | MTC-00033085
Greatbatch, Paul | 0001 | MTC-00009924
Greatbatch, Paul | 0002 | MTC-00012569
Green, Barbara | 0001 | MTC-00021931
Green, Benjamin | 0001 | MTC-00032970
Green, Bert | 0002 | MTC-00033157
Green, Bryan | 0001 | MTC-00015586
Green, Ellen | 0001 | MTC-00029166
Green, George | 0001 | MTC-00012495
Green, Glenn | 0002 | MTC-00004907
Green, Harold | 0001 | MTC-00024267
Green, John | 0001 | MTC-00012441
Green, John | 0001 | MTC-00023866
Green, John | 0002 | MTC-00032512
Green, Margaret and Doug | 0001 | MTC-00010774
Green, Margaret and Doug | 0001 | MTC-00012053
Green, Mariann | 0001 | MTC-00023361
Green, Robert | 0001 | MTC-00012945
Greenbach, Susan | 0001 | MTC-00028445
Greenberg, Lee | 0001 | MTC-00027352
Greene | 0001 | MTC-00010224
Greene, Farida | 0001 | MTC-00013525
Greene, Wallace | 0001 | MTC-00012105
Greenfield, Mike | 0001 | MTC-00003152
Greensides, William | 0001 | MTC-00007390
Greenwood, Fred H. | 0001 | MTC-00010484
Greer, Daniel | 0002 | MTC-00032061
Greer, Joyce | 0001 | MTC-00029179
Greg | 0001 | MTC-00003312
Gregan, Chris | 0002 | MTC-00009771
Gregg, John | 0001 | MTC-00019830
Gregory, Joseph | 0001 | MTC-00010290
Gregory, Rachel | 0001 | MTC-00013879
Gregory, Sherwood | 0001 | MTC-00020731
Gregory, Zan | 0001 | MTC-00022873
Greider, Gordon | 0001 | MTC-00014086
Grell, Mary | 0001 | MTC-00020634
Grempler, Donald | 0001 | MTC-00024472
Gresset, David | 0001 | MTC-00003372
Grey, Dawn | 0001 | MTC-00009990
Greywitt, Christin | 0001 | MTC-00025151
Gribben, George | 0001 | MTC-00029383
Gribble, Larry | 0001 | MTC-00011930
Grier, Ellis | 0001 | MTC-00012433
Griesel, Christopher | 0001 | MTC-00000567
Grieser, Orval | 0002 | MTC-00033238
Griffen, Howard | 0001 | MTC-00028918
Griffin, Charles | 0001 | MTC-00021926
Griffin, Leslie | 0001 | MTC-00032942
Griffin, Lynn | 0001 | MTC-00019644
Griffin, Mark | 0001 | MTC-00020991
Griffin, Peggy | 0001 | MTC-00021660
Griffin, Susan | 0001 | MTC-00007822
Griffis, Marcus | 0001 | MTC-00032716
Griffith, C. S. | 0001 | MTC-00008089
Griffith, David | 0001 | MTC-00005804
Griffith, Thomas | 0002 | MTC-00032673
Griffiths, Edward | 0002 | MTC-00032163
Griffon, Karen | 0001 | MTC-00024027
Grigg, Roee | 0001 | MTC-00025775
Grigsby, Todd | 0001 | MTC-00022284
Grill, S. | 0001 | MTC-00013308
Grim, Tony | 0001 | MTC-00022706
Grimm, Betty | 0001 | MTC-00012201
Grinaway, Kathy | 0001 | MTC-00031936
Grinhafs, Janis | 0001 | MTC-00024430
Grisham, Andrew | 0001 | MTC-00032870
Grizzard, Laurie | 0001 | MTC-00011735
Grizzle, Jon | 0004 | MTC-00013999
grlatham@ msn.com | 0001 | MTC-00010355
Grochowski, Joseph G. | 0001 | MTC-00009922
Gronke, Benjamin | 0002 | MTC-00032896
Groom, David | 0001 | MTC-00025777
Groom, Joe | 0001 | MTC-00023477
Groppo, Micah | 0001 | MTC-00020250
Gross, Kyle | 0001 | MTC-00010926
Grossman | 0001 | MTC-00014270
Grossman, Benjamin | 0001 | MTC-00026276
Grossman, Louis | 0001 | MTC-00006866
Grossman, Louis | 0001 | MTC-00006929
Grossman, Sherm | 0004 | MTC-00011717
Grossman, Stephen | 0001 | MTC-00009779
Grove, D. Scott | 0001 | MTC-00017500
Grove, Wayne and Eileen | 0001 | MTC-00011817
Grover, Loraine | 0001 | MTC-00011032
Groves, Rebecca | 0001 | MTC-00011870
Gruber, Janet | 0001 | MTC-00012633
Grue, Merlin | 0001 | MTC-00026725
Gruskin, Sanford | 0001 | MTC-00007330
Gruss, Eric | 0001 | MTC-00032792
Grzy, Cynder | 0001 | MTC-00026621
GSta227586@ aol.com | 0001 | MTC-00011893
gtech | 0001 | MTC-00007789
guarraci, Joe | 0001 | MTC-00006716
Guatney, Charles | 0001 | MTC-00011474
Guay, Arthur | 0001 | MTC-00025164
Guenette, Jacques | 0001 | MTC-00006800
Guenin, Xavier | 0001 | MTC-00009235
Guerra, Jorge | 0001 | MTC-00020429
Guerra, Martin | 0001 | MTC-00012243
Guerrasio, Andrew | 0001 | MTC-00012338
Guertin, Jarod | 0002 | MTC-00013921
Guest, Charles | 0001 | MTC-00011837
Guest, Theodore | 0002 | MTC-00033138
Gui, Jessica | 0001 | MTC-00014725
Guidos, David | 0001 | MTC-00011959
Guildner, Diane | 0001 | MTC-00010854
guilmette@ yahoo.com | 0001 | MTC-00028719
Guinane, James | 0001 | MTC-00023746
Guinn, Roy | 0001 | MTC-00023408
Guite, Benjamin | 0001 | MTC-00024225
Guiterras, Daniel | 0002 | MTC-00029746
Guler, Mehmet | 0001 | MTC-00000802
Gulnac, Beatrice | 0001 | MTC-00022524
Gumm, Jean | 0001 | MTC-00010236
Gundersen, Tor-Oyvind | 0001 | MTC-00011341
Gunn, James A. | 0001 | MTC-00007586
Gunn, Ron C. | 0001 | MTC-00010170
Gunter, Art | 0001 | MTC-00022437
Guo, Huey | 0001 | MTC-00006323
Guptill, Gary | 0001 | MTC-00012192
Gurbacki, Penny | 0001 | MTC-00021063
Gus407@ aol.com | 0001 | MTC-00007639
Guse, Judith | 0001 | MTC-00032941
Gustafson, Eric | 0001 | MTC-00032540
Gustafson, Kathy | 0001 | MTC-00014352
Gustas, Ron | 0001 | MTC-00023437
Gustine, Justice | 0001 | MTC-00013168
Guthrie, Joseph | 0001 | MTC-00032600
Guthry, Scott | 0001 | MTC-00010973
Gutierrez, Jose | 0002 | MTC-00029742
Guyton, David | 0001 | MTC-00006826
Gwd96@ aol.com | 0001 | MTC-00006575
Gwinn, Ray | 0001 | MTC-00003361
Gyde, Mitchell A. | 0001 | MTC-00014416
Gyle, Marianne | 0001 | MTC-00011980
H3H | 0001 | MTC-00007813
Ha, Jake Phuoc Trong | 0001 | MTC-00023742
Haas, George | 0003 | MTC-00031908
Habbel, Debra | 0001 | MTC-00010019
Habenicht, Fred | 0001 | MTC-00032733
Hackett, Bonnie | 0001 | MTC-00022460
Hackett, Edward W. | 0001 | MTC-00012085
Haddad, Philip | 0001 | MTC-00025316
Hadley, Delores | 0001 | MTC-00023118
Hadley, Duane | 0001 | MTC-00023121
Hagaman, Robert | 0002 | MTC-00032445
Hagan, Mike | 0001 | MTC-00023969
Hagan, N. | 0001 | MTC-00014101
Hagard, Jay | 0001 | MTC-00022273
Hager, Roger | 0001 | MTC-00002395
Hagerty, Genevieve | 0001 | MTC-00013021
Haggard, Jay | 0001 | MTC-00022272
Hagglund, Jason | 0001 | MTC-00032553
Hague, Robert E. | 0001 | MTC-00009279
Hague, Yolanda R. | 0001 | MTC-00014007
Hagy, R.C. | 0002 | MTC-00021559
Hahn, Ken | 0001 | MTC-00014140
Haight, Richard | 0001 | MTC-00005039
Hair, Scott | 0001 | MTC-00012437
Halay, Renee | 0001 | MTC-00021882
Haldin, Patricia | 0001 | MTC-00020326
Haldoupis, Niketa and Laura | 0001 | MTC-00026853
Haler, Roger | 0001 | MTC-00021836
Haley, Bryan | 0002 | MTC-00032313
Haley, Roseann | 0001 | MTC-00006652
Halfin, George S. | 0001 | MTC-00027123
Hall, Adam | 0001 | MTC-00013057
Hall, Annette | 0001 | MTC-00028438
Hall, Betty | 0001 | MTC-00006726
Hall, Chester | 0001 | MTC-00029207
Hall, Chuck | 0001 | MTC-00009967
Hall, G. Keith | 0001 | MTC-00014135
Hall, Howard | 0001 | MTC-00029320
Hall, James | 0001 | MTC-00027007
Hall, Jan | 0002 | MTC-00032351
Hall, John | 0001 | MTC-00005726
Hall, Nancy | 0001 | MTC-00032685
Hall, Orlin D. | 0001 | MTC-00007603
Hall, Randy | 0001 | MTC-00013660
Hall, Ronald | 0001 | MTC-00029292
Hall, Samuel | 0001 | MTC-00033040
Hallock, George | 0002 | MTC-00033128
Halonen, David | 0001 | MTC-00024615
Halpin, Gary | 0002 | MTC-00032161
Halpin, Ryan | 0001 | MTC-00001932
Ham, Jennifer | 0001 | MTC-00012494
Hamada, Mokhtar | 0001 | MTC-00006469
Hamady, Christopher | 0001 | MTC-00033807
Hamaker, Joan | 0001 | MTC-00011585
Haman, Frank | 0001 | MTC-00009966
Hamann, Jennifer | 0001 | MTC-00032543
Hamel, Ren | 0001 | MTC-00001092
Hamelin, Billy | 0001 | MTC-00023095
Hamilton, Chris | 0001 | MTC-00032990
Hamilton, Ed | 0001 | MTC-00005621
Hamilton, Lois | 0001 | MTC-00022780
Hamilton, Robert | 0001 | MTC-00021010
Hamilton, Roy | 0001 | MTC-00023244
Hamilton, Roy | 0001 | MTC-00012203
Hamilton, Sherry | 0001 | MTC-00026362
Hamilton, Tom | 0001 | MTC-00026363
Hamlet, John | 0001 | MTC-00004877
Hamlin, Linda Jo | 0001 | MTC-00028760
Hammar, Magnus | 0001 | MTC-00008701
Hammer, Fred | 0001 | MTC-00021611
Hammond, Dave | 0001 | MTC-00032810
hampreal@ lanset.com | 0001 | MTC-00009450
Hampton, Martin | 0001 | MTC-00021369
Hamzeh, Kony | 0001 | MTC-00033530
Han, Bert | 0001 | MTC-00019067
Hanaleisrt@ aol.com | 0001 | MTC-00008723
Hand, James | 0002 | MTC-00033068
Handley, Ellie | 0001 | MTC-00020520
Handy, Susan | 0001 | MTC-00029417
Haney, George | 0001 | MTC-00012733
Hanford, B. | 0001 | MTC-00009057
Hankamp, Thomas J. | 0001 | MTC-00027149
Hanks, Clyde | 0001 | MTC-00012629
Hanley, John | 0001 | MTC-00024209
Hannah, Bob | 0001 | MTC-00009215
Hannah, Cheryl | 0001 | MTC-00020213
Hannah, Elbert | 0002 | MTC-00011163
Hannum, Ted | 0001 | MTC-00012694
Hanrahan, Robert P. | 0001 | MTC-00012267
Hanry, Thomas | 0001 | MTC-00021530
Hanscom, Richard L. | 0001 | MTC-00006647
Hansen, Alan | 0001 | MTC-00010599
Hansen, Alan H. | 0001 | MTC-00011240
Hansen, Alan L. | 0001 | MTC-00014115
Hansen, Gary | 0001 | MTC-00032979
Hansen, George | 0002 | MTC-00033080
Hansen, Jack | 0001 | MTC-00032736
Hansen, Nels | 0001 | MTC-00027362
Hansen, R | 0001 | MTC-00009601
Hanson, Allan | 0002 | MTC-00033098
Hanson, Amy | 0001 | MTC-00011727
Hanson, Chris | 0001 | MTC-00027661
Hanson, Erik | 0001 | MTC-00033066
Hanson, Karl | 0001 | MTC-00012156
Hanson, Peter S. | 0001 | MTC-00023495
Haradon, Zeb | 0001 | MTC-00014805
Harbour, Elaine | 0001 | MTC-00022587
Harbour, Elaine | 0001 | MTC-00022602
Harden, Eric | 0001 | MTC-00029176
Harding, John | 0001 | MTC-00032707
Harding, John | 0001 | MTC-00032985
Hardisan, Dien | 0001 | MTC-00013775
Hardison, Harold | 0002 | MTC-00033214
Harger, Henry | 0002 | MTC-00033160
Hargis, David and Joanna | 0001 | MTC-00032645
Haring, Dick | 0001 | MTC-00009456
Harkey, Lloyd | 0001 | MTC-00023872
Harler, Bob | 0002 | MTC-00010587
Harmon, Joshua | 0001 | MTC-00012310
Harmuth, Frank | 0001 | MTC-00012119
Harned, Robert | 0001 | MTC-00032606
Harold, David | 0001 | MTC-00012180
haroldm@ netonecom.net | 0001 | MTC-00015984
Harper, David | 0001 | MTC-00019300
Harper, Earl G. | 0001 | MTC-00027975
Harper, Michael | 0001 | MTC-00029483
Harper, Robin | 0001 | MTC-00020237
Harrell, Todd | 0003 | MTC-00027251
Harrill, Jim | 0001 | MTC-00012638
Harrington, Michael | 0001 | MTC-00012024
Harris, Bob | 0001 | MTC-00013925
Harris, Diahann | 0001 | MTC-00021641
Harris, Hall | 0001 | MTC-00032893
Harris, Jessica E. | 0001 | MTC-00007605
Harris, Jonathan | 0001 | MTC-00032658
Harris, Ken | 0001 | MTC-00012442
Harris, Ken | 0001 | MTC-00023681
Harris, Noel | 0001 | MTC-00013656
Harris, Noel | 0001 | MTC-00025915
Harris, Noel | 0002 | MTC-00009558
Harris, Roscoe | 0001 | MTC-00016685
Harris, Ruth | 0001 | MTC-00002210
Harris, Trent | 0002 | MTC-00002353
Harrison, Brad | 0001 | MTC-00020125
Harrison, Jeffrey P. | 0002 | MTC-00010325
Harriss, Henry | 0001 | MTC-00007948
Harry | 0001 | MTC-00003541
Harsell, Ben | 0001 | MTC-00015937
Hart, Clyde | 0001 | MTC-00012436
Hart, Janet | 0001 | MTC-00012425
Hart, Richard | 0002 | MTC-00023749
Hartle, Lane | 0001 | MTC-00025868
Hartley, John S. | 0002 | MTC-00008478
Hartley, John S. | 0002 | MTC-00025110
Hartley, Joohn | 0001 | MTC-00025143
Hartman, Lewis | 0001 | MTC-00027612
Hartmann, Joe | 0001 | MTC-00026152
Hartmeyer, Mike | 0001 | MTC-00031517
Hartneady, Jim | 0001 | MTC-00013460
Hartsell, Robert | 0001 | MTC-00012239
Hartwell, Mark | 0001 | MTC-00023847
Hartwig, Ernest | 0001 | MTC-00032734
Hartz, Gerald | 0001 | MTC-00008076
Hartzell, Barton | 0001 | MTC-00021413
Hartzell, Ward | 0001 | MTC-00021673
Harvey, Billy | 0001 | MTC-00015535
Harvey, Harold A | 0001 | MTC-00029409
Hasenbein, George | 0001 | MTC-00012677
Hasenbein, George | 0001 | MTC-00020617
Hasenbein, George | 0001 | MTC-00009492
Haserodt, Martha | 0001 | MTC-00023154
Hash, Dale | 0001 | MTC-00032790
Haskell, Sterling | 0001 | MTC-00033026
Haskins, Tammy | 0001 | MTC-00022710
Hass, Craig | 0001 | MTC-00029516
Hass, Glen | 0001 | MTC-00029518
Hass, Janet M. | 0001 | MTC-00029521
Hasse, Dolores | 0001 | MTC-00032867
Hasselberg, James | 0001 | MTC-00019267
Hatch, Barbara | 0001 | MTC-00009510
Hatch, John | 0002 | MTC-00032329
Hatchl, Sidney | 0001 | MTC-00019961
Hatfield, Jeff | 0002 | MTC-00008184
Hathaway, Richard | 0001 | MTC-00012297
Hathcock, Colin | 0001 | MTC-00032740
Hatle, Andy | 0001 | MTC-00012252
Hatle, Andy | 0001 | MTC-00008681
Hatlwotubbs@ aol.com | 0001 | MTC-00006602
Hattendorf, Robert | 0001 | MTC-00020298
Hauck, Thomas and Marybeth | 0001 | MTC-00032578
Hauf, James G. | 0001 | MTC-00011235
Hauffe, Konard O. | 0010 | MTC-00030846
Haug, Patricia | 0001 | MTC-00013024
Haugen, Barbara | 0001 | MTC-00014807
Haugen, Richard | 0002 | MTC-00032443
Haugen, Richard | 0002 | MTC-00033103
Haughton, Jim | 0001 | MTC-00026106
Hauser, Edna | 0001 | MTC-00025635
Haver, Robert | 0001 | MTC-00020468
Haver, Shirley | 0001 | MTC-00020476
Haverstock, Dave and Nancy | 0001 | MTC-00007485
Havin, Victor L. | 0002 | MTC-00025272
Hawkes, Melissa | 0001 | MTC-00032782
Hawkins, Duane | 0002 | MTC-00011452
Hawkins, Paul | 0001 | MTC-00027757
Hawksworth, Jae | 0002 | MTC-00032214
Hawthorne | 0001 | MTC-00019661
Hayas, Jeff | 0001 | MTC-00027896
Hayashi, Doug | 0001 | MTC-00007609
Hayden, Larry | 0001 | MTC-00025492
Hayes, Brian | 0001 | MTC-00014201
Hayes, Dallas | 0001 | MTC-00020455
Hayes, Gerda | 0002 | MTC-00013686
Hayes, William | 0001 | MTC-00020451
Hayes, William C. | 0001 | MTC-00007800
hayho | 0001 | MTC-00012120
Haynes, Daniel | 0001 | MTC-00012473
Haynes, Joe | 0001 | MTC-00023230
Haynes, Joe | 0001 | MTC-00032747
Haynes, Tyler | 0001 | MTC-00032725
Hays, Benjamin | 0002 | MTC-00026917
Hays, Gary | 0001 | MTC-00020747
Haywood, Carl | 0002 | MTC-00032441
Headley, Ryan | 0002 | MTC-00015514
Hearld, Kenneth | 0001 | MTC-00020632
Hearshman, Lori | 0001 | MTC-00007328
Heath, Sam | 0001 | MTC-00009915
Heberling, William | 0001 | MTC-00012502
Hebert, David | 0001 | MTC-00009370
Heck, Greg | 0001 | MTC-00011274
Heck, Greg | 0001 | MTC-00025446
Hedberg, Dale T. | 0001 | MTC-00020248
Hedeman, David | 0001 | MTC-00021556
Hedger, Michael | 0001 | MTC-00000715
Hedington, Daniel | 0002 | MTC-00016711
Hedrick, Wayne | 0002 | MTC-00029222
Heffernan, Mary Ann | 0001 | MTC-00020282
Heide, Calvin | 0001 | MTC-00022425
Heidelberg, Andy | 0001 | MTC-00029469
Heikkila, Heath | 0001 | MTC-00032573
Heil, John | 0001 | MTC-00021154
Heilman, Deborah | 0001 | MTC-00013003
Hein, Bernadette | 0001 | MTC-00023156
Hein, Bernadette | 0001 | MTC-00010712
Hein, Debby | 0001 | MTC-00011196
Heine, Juergen | 0001 | MTC-00003126
Heines, Dan K. | 0001 | MTC-00007946
Heinsen, John | 0001 | MTC-00013238
Heinze, Mark | 0001 | MTC-00021524
Heiselfluflu@ cs.com | 0001 | MTC-00014438
Helbig, Ruth and Earl | 0001 | MTC-00004442
Held, Seth | 0001 | MTC-00009373
Heller, Gary | 0001 | MTC-00022270
Heller, Mary | 0001 | MTC-00007637
Heller, Victoria | 0002 | MTC-00032201
Helm, Al | 0001 | MTC-00012623
helms, Kimberly | 0001 | MTC-00007754
Hemmer, Carol | 0001 | MTC-00011284
Hemmerich, Gail | 0001 | MTC-00029381
Henderson, Thomas | 0001 | MTC-00013251
Henderson, Vivian and William | 0001 | MTC-00032559
Hendley, David | 0001 | MTC-00012475
Hendricks, John | 0001 | MTC-00012668
Hendricks, Mark | 0003 | MTC-00023105
Hendricks, Mark | 0001 | MTC-00022973
Hendrickson, Morgan | 0001 | MTC-00023183
Hendrix, Ron | 0001 | MTC-00032848
Henke, Michael | 0001 | MTC-00013224
Hennigar, Donmette | 0001 | MTC-00023234
Henri, Axel | 0001 | MTC-00007922
Henry, David | 0001 | MTC-00008299
Henry, Hank | 0001 | MTC-00027255
Henry, Paul | 0001 | MTC-00004354
Henry, Paul | 0002 | MTC-00025795
Henry, William G. | 0001 | MTC-00013229
Hensel, Alan | 0001 | MTC-00009843
Henshaw, Jan | 0001 | MTC-00013233
Henshaw, Jan | 0001 | MTC-00023730
Henshaw, Joseph | 0001 | MTC-00030533
Hensley, Rudolph | 0001 | MTC-00013240
Hensley, Steve | 0001 | MTC-00033242
Hepburn, Robert II | 0001 | MTC-00029117
Herbold, Patricia | 0001 | MTC-00032957
Herbst, Larry | 0001 | MTC-00007299
Herman, Lloyd | 0001 | MTC-00012505
Herman, Perry | 0001 | MTC-00006010
Hermann, M. | 0001 | MTC-00010718
Hermann, Nilda | 0001 | MTC-00013019
Hermmus, Robert | 0001 | MTC-00026332
Hernandez, Dotti | 0001 | MTC-00012301
Herne, Linda | 0001 | MTC-00011435
Herrin, Eloise | 0001 | MTC-00021478
Herrin, Margaret K. | 0001 | MTC-00027146
Herring, Andreanne | 0001 | MTC-00029211
Herring, Jim | 0001 | MTC-00022932
Herring, William | 0001 | MTC-00027780
Herrington, Mike | 0001 | MTC-00025616
Hertzog, James | 0001 | MTC-00028319
Herzog, Keith | 0001 | MTC-00009960
Heslin, Patrick | 0001 | MTC-00011866
Hess, Robert | 0001 | MTC-00008063
Hessler, Doris | 0001 | MTC-00022024
Hettler, Paula | 0001 | MTC-00008451
hf.consult@ juno.com | 0001 | MTC-00026942
hhough—60plus@ yahoo.com | 0001 | MTC-00014493
Hibbs, James | 0001 | MTC-00012256
Hibling, richard | 0001 | MTC-00019480
Hibshman, David | 0001 | MTC-00003461
Hickman, Brenda | 0001 | MTC-00022138
Hickman, Mary and John | 0001 | MTC-00014164
Hickman, Mary-Johne | 0001 | MTC-00010679
Hickman, Mary-Jonne | 0001 | MTC-00007763
Hickman, W. Bryant | 0001 | MTC-00013032
Hicks, Steven | 0001 | MTC-00016235
Hiestand, T.C. | 0002 | MTC-00033153
Higginbotham, Randy | 0001 | MTC-00003157
Higginbotham, Richard | 0001 | MTC-00032746
Higginbotham, Richard W. | 0001 | MTC-00025891
Higgins, Charlene | 0001 | MTC-00010646
Higgins, Chris | 0001 | MTC-00007319
Higgins, T.P. | 0001 | MTC-00012135
Higgins, T.P. | 0001 | MTC-00022268
High, Donald | 0001 | MTC-00033022
High, Katherine | 0001 | MTC-00033023
High, Michael | 0001 | MTC-00021518
Hightower, John | 0001 | MTC-00010780
Hildebrand, William | 0001 | MTC-00010766
Hildermann, D. F. | 0003 | MTC-00004094
Hilfersing, Eric | 0002 | MTC-00024073
Hilgers, Laurie | 0001 | MTC-00012684
Hill Sr., Joseph | 0001 | MTC-00014207
Hill, Carole | 0001 | MTC-00023879
Hill, Carole | 0001 | MTC-00033377
Hill, Charles | 0001 | MTC-00021081
Hill, Dave C. | 0006 | MTC-00008896
Hill, Dawn | 0001 | MTC-00021667
Hill, Franklin | 0001 | MTC-00014543
Hill, Jackie | 0001 | MTC-00024877
Hill, P | 0001 | MTC-00033017
Hill, Randy | 0002 | MTC-00011361
Hill, Tom | 0001 | MTC-00012226
Hill, William | 0001 | MTC-00020729
Hill-Popper, Carl | 0001 | MTC-00015340
Hilliar, Paul | 0001 | MTC-00032538
Hilliard, Robert J. | 0001 | MTC-00019687
Hilliard, Warren | 0001 | MTC-00013976
Hillman, Al | 0001 | MTC-00006109
Hills, Jason | 0001 | MTC-00017594
Hills, Theodore | 0001 | MTC-00023291
Hillyer, June | 0002 | MTC-00033109
Hilmers, Carol | 0001 | MTC-00025233
Hilton, Sharon | 0001 | MTC-00021012
Himes, Jamees | 0001 | MTC-00024423
Himmelberg, Robert | 0002 | MTC-00033316
Himmelsbach, Andy | 0001 | MTC-00022960
Hindricks, Elsie | 0001 | MTC-00022999
Hine, Edward | 0001 | MTC-00010573
Hiner, Joy | 0001 | MTC-00029112
Hines, Erthel | 0001 | MTC-00032567
Hines, Robert | 0001 | MTC-00011586
Hinesly, Juanema | 0001 | MTC-00010602
Hinman, Joan and Dick | 0001 | MTC-00009067
Hinnant, Lillie | 0001 | MTC-00020941
Hinshaw, Byrd | 0001 | MTC-00020440
Hinson, James | 0001 | MTC-00032722
Hinton, Carolyn | 0001 | MTC-00007739
Hinton, Roy | 0002 | MTC-00032186
Hintz, Harry | 0001 | MTC-00032555
Hintz, Harry | 0001 | MTC-00032657
Hintze, Ralph | 0001 | MTC-00032964
hipmarjory@ webtv.net | 0001 | MTC-00011132
Hirollerig@ aol.com | 0001 | MTC-00008676
Hirsh, Marian | 0002 | MTC-00032456
Hirsh, Miriam | 0002 | MTC-00032153
Hirvela, Brian | 0001 | MTC-00023239
Hise, Jeremy | 0001 | MTC-00015494
Hisle, Kenneth | 0001 | MTC-00022930
Hisle, Kenneth | 0001 | MTC-00022931
Hitchcock, Will | 0001 | MTC-00011083
Hite, Peggy A. | 0001 | MTC-00008476
Hitt, Robert | 0001 | MTC-00013667
Hix, Ray | 0001 | MTC-00012150
Hixson, Charles D. | 0001 | MTC-00000595
Hixson, Lester | 0001 | MTC-00029293
HJ | 0001 | MTC-00002328
HMGUZZO@ aol.com | 0001 | MTC-00028136
HML101@ aol.com | 0001 | MTC-00007350
hn94306@ sbcglobal.net | 0001 | MTC-00010386
Ho, Karin, E. | 0001 | MTC-00003921
Hoag, Ken | 0001 | MTC-00001046
Hoback, LAne | 0001 | MTC-00025242
Hoban, Tom | 0001 | MTC-00012946
Hobart, David | 0001 | MTC-00014404
Hobbs, Harlan F. | 0001 | MTC-00007322
Hobbs, Jansa | 0001 | MTC-00024895
Hobor, Aguiras | 0002 | MTC-00020108
Hobson, Jonathan | 0002 | MTC-00032304
Hochman, Rlaph J. | 0001 | MTC-00004019
Hockenberry, David | 0001 | MTC-00013264
Hodges, Kenneth | 0001 | MTC-00020268
Hodgson, R. | 0001 | MTC-00026032
Hodgson, Robert | 0001 | MTC-00000596
Hodnett, James | 0001 | MTC-00020658
Hoebel, Robert | 0001 | MTC-00026482
Hoech, David | 0001 | MTC-00012012
Hoechestetter, Jim | 0001 | MTC-00011965
Hoefler, Raymond | 0001 | MTC-00022497
Hoelzer, Ronald | 0001 | MTC-00032666
Hoesen, William | 0002 | MTC-00032450
Hoffman, Bill | 0001 | MTC-00006988
Hoffman, Bruce | 0001 | MTC-00007334
Hoffman, Charleen | 0001 | MTC-00011058
Hoffman, Charles | 0001 | MTC-00012353
Hoffman, Charles B. | 0001 | MTC-00000102
Hoffman, Dean | 0001 | MTC-00023615
Hoffman, Mark | 0001 | MTC-00026812
Hoffman, Roberta | 0001 | MTC-00032726
Hoffman, William | 0001 | MTC-00000994
Hoffner, Charles W. | 0002 | MTC-00004719
Hofmann, Joan Maire | 0001 | MTC-00026165
Hogoboom, Bill | 0001 | MTC-00002419
Hohn, James | 0001 | MTC-00026542
hohobike@ yahoo.com | 0001 | MTC-00021969
Hoke, Jason | 0001 | MTC-00005032
Holden, Bob and Betty | 0001 | MTC-00013033
Holder, Steve | 0001 | MTC-00016768
Holderbaum, Zena | 0001 | MTC-00013512
Holding, Harry | 0001 | MTC-00009282
Holding, Harry | 0001 | MTC-00014354
Holeton, Mike | 0001 | MTC-00021631
Holland, Art | 0001 | MTC-00026941
Holland, James W. | 0003 | MTC-00003953
Holland, Jim | 0001 | MTC-00006148
Hollander, Trina | 0001 | MTC-00023463
Hollandsworth, Evans | 0001 | MTC-00010564
Holley, Robert C. | 0001 | MTC-00022134
Holliday, Eric | 0002 | MTC-00029496
Holliday, Kim | 0001 | MTC-00022700
Holliman, John C. | 0001 | MTC-00022104
Hollin, Bernrd Gert | 0001 | MTC-00012127
Hollis, Charles | 0001 | MTC-00012678
Hollis, Ricky | 0001 | MTC-00021519
Holloway, Vance | 0001 | MTC-00006421
Holly, David M. | 0001 | MTC-00012173
Holm, Herb | 0001 | MTC-00021989
Holm, Roger | 0001 | MTC-00012948
Holman, Dusty | 0001 | MTC-00010551
Holman, Stanley | 0001 | MTC-00005286
Holmes, Don | 0001 | MTC-00006416
Holmes, Michael | 0002 | MTC-00005740
Holmes, Norma | 0001 | MTC-00023868
Holt, Jeanie | 0001 | MTC-00022731
Holt, Joy | 0001 | MTC-00025724
Holuk, Conrad | 0001 | MTC-00024547
Holwadel, Paul | 0001 | MTC-00029030
Honeycutt, Gaye | 0001 | MTC-00024034
Honhart, jon | 0002 | MTC-00006242
Honsinger, Marian | 0001 | MTC-00003297
Hoopman, Chris | 0001 | MTC-00021327
Hoover, Frederick | 0002 | MTC-00032462
Hoover, Juanita | 0001 | MTC-00021936
Hoover, Victor Sr. | 0001 | MTC-00012094
Hope, Janell | 0002 | MTC-00010643
Hopkins, Rickie | 0001 | MTC-00007522
Hopkins, W.B. Pete | 0002 | MTC-00032148
Hopkins, William H. | 0001 | MTC-00009622
Hopper, Lester | 0001 | MTC-00009393
Hopper, William M | 0001 | MTC-00010885
Hopson, David | 0001 | MTC-00022161
Horan, Thomas | 0001 | MTC-00023411
Horan, William A. | 0001 | MTC-00006723
Hord, George | 0001 | MTC-00010292
Horn, James | 0001 | MTC-00012625
Horneff, Donald | 0002 | MTC-00032488
Horowitz, Melvin | 0001 | MTC-00012026
Horras, Andrew | 0001 | MTC-00032892
Horrigan, Matt | 0001 | MTC-00017739
Horrocks, Michael | 0001 | MTC-00003169
Horstmeier, Bole and Caryl | 0001 | MTC-00032430
Horstmeier, Robert | 0001 | MTC-00012480
Horton, Christopher Jr. | 0002 | MTC-00028946
Horton, Mark | 0001 | MTC-00029542
Hosford, Keith | 0001 | MTC-00032636
HoTaxLady@ cs.com | 0001 | MTC-00012016
Houchins, Jeffrey | 0001 | MTC-00009524
Houdek, Bob | 0001 | MTC-00007375
Hougen, David | 0001 | MTC-00012312
Houghton, Christopher | 0001 | MTC-00021048
Houk, David | 0001 | MTC-00012164
Hounsell, Paul | 0001 | MTC-00019673
House, Mary M. | 0001 | MTC-00024054
Houston, Linda | 0001 | MTC-00013676
Howard and Joan | 0001 | MTC-00021452
Howard, Albert | 0001 | MTC-00001956
Howard, Dorothy | 0001 | MTC-00033101
Howard, Jason | 0002 | MTC-00017985
Howard, Ruth | 0002 | MTC-00033090
Howard, Stephen | 0002 | MTC-00032291
Howard, Theodore | 0001 | MTC-00010022
Howard, Theodore | 0001 | MTC-00021535
Howe, Florence | 0001 | MTC-00006756
Howe, Ken | 0001 | MTC-00009353
Howe, Tom | 0001 | MTC-00028911
Howe, Tommy | 0001 | MTC-00023262
Howell, Richard | 0001 | MTC-00020678
Howells, Ken | 0001 | MTC-00025550
Howery, Erle | 0001 | MTC-00022631
Hromas, David | 0001 | MTC-00020712
Hrovat, Dushan D. | 0001 | MTC-00028800
Hrusovsky, Kathryn | 0001 | MTC-00010044
Huber, June | 0001 | MTC-00012080
Hubka, Harvey | 0001 | MTC-00012954
Hubler, Rhonda | 0001 | MTC-00025376
Huddleston, Annette | 0001 | MTC-00022502
Huddy, Albert | 0002 | MTC-00032477
Hudgins, Chris | 0001 | MTC-00000011
Hudson, Bruce | 0001 | MTC-00021778
Hudson, R Craig | 0002 | MTC-00032273
Hudson, Ralph | 0002 | MTC-00032501
Hudson, Roger | 0001 | MTC-00023357
Huelsmann, Charles | 0001 | MTC-00012263
Huerta, Jess and Julie | 0001 | MTC-00023051
Huey, George | 0001 | MTC-00011555
Huggins, Bill | 0002 | MTC-00002209
Hughes, Ben | 0001 | MTC-00009644
Hughes, Ben | 0001 | MTC-00032429
Hughes, Edward | 0001 | MTC-00012440
Hughes, Joyce | 0002 | MTC-00033000
Hughes, Linda | 0002 | MTC-00032176
Hughes, Maria | 0001 | MTC-00023058
Hughes, Ray E. | 0001 | MTC-00012996
Hughes, Shane | 0001 | MTC-00014213
Hughey, Jonathan | 0001 | MTC-00011045
Huhn, Kurt | 0001 | MTC-00012883
Hull, Joseph | 0001 | MTC-00032855
Humberson, George | 0001 | MTC-00011872
Humberson, Jeff | 0001 | MTC-00014398
Humble, Brian | 0001 | MTC-00032767
Hume, Barbara | 0001 | MTC-00021097
Hummel, Sam | 0001 | MTC-00026033
Humphewya, Silas | 0001 | MTC-00020222
Humphrey, Robert J. | 0001 | MTC-00009242
Humphreys, Ethelmae | 0001 | MTC-00032811
Huna, Emmanuel | 0003 | MTC-00000600
Hundley, Nancy | 0001 | MTC-00013505
Huninghake, James | 0001 | MTC-00026633
Hunt, Bill | 0001 | MTC-00002762
Hunt, David | 0001 | MTC-00032986
Hunt, Karen | 0001 | MTC-00010592
Hunt, Steve | 0001 | MTC-00009380
Hunter, Ted | 0001 | MTC-00017751
Hunter, Koleta | 0001 | MTC-00023633
Huntsman, David | 0001 | MTC-00024861
Hupp, Arthur | 0001 | MTC-00032432
Hurd, Herbert | 0001 | MTC-00008535
Hurd, Judy | 0001 | MTC-00010016
Hurd, Michael | 0001 | MTC-00020078
Hurd, Michael J. | 0001 | MTC-00026860
Hurlburt, Karin | 0001 | MTC-00023706
Hurst, Paul E. | 0001 | MTC-00014042
Huskins, Cynthia | 0001 | MTC-00009449
Huspek, James | 0001 | MTC-00012212
Hussar, Christopher | 0001 | MTC-00012497
Hussar, John | 0001 | MTC-00019612
Hussey, Diane | 0001 | MTC-00020957
Hussey, John | 0001 | MTC-00020412
Hussmann, James | 0001 | MTC-00032637
Hutcheson, Meagan | 0002 | MTC-00032308
Hutchins, Lisa | 0002 | MTC-00032327
Huth, William | 0002 | MTC-00033301
Hutson, Bill | 0001 | MTC-00020618
Hutson, Bill | 0001 | MTC-00023589
Hutson, Ronald | 0001 | MTC-00032832
Hutson, Thomas | 0001 | MTC-00020702
Huvane, Thomas | 0002 | MTC-00033271
Huxauble, Ron | 0001 | MTC-00005727
Huygens, Clarence and Joann | 0001 | MTC-00001157
Huysing, Peter | 0001 | MTC-00022416
Hyde, Stewart | 0001 | MTC-00021938
Hyland, Bob | 0001 | MTC-00002909
Hyland, John | 0001 | MTC-00026283
Hynes, John M. | 0002 | MTC-00004720
Ian | 0001 | MTC-00015465
Ian, Ken | 0001 | MTC-00021907
Ibrahim, Isif | 0001 | MTC-00000362
Ibsen, Lee D. | 0001 | MTC-00025883
iceola@ atstrans.com | 0001 | MTC-00017237
ICutter@ aol.com | 0001 | MTC-00012144
ICutter@ aol.com | 0001 | MTC-00012181
Iglecias, Abel | 0002 | MTC-00029739
Ilburian@ crosslink.com | 0001 | MTC-00012724
Iler, Pat | 0001 | MTC-00029402
Imfnh@ worldpath.net | 0001 | MTC-00011294
Imperi, David | 0001 | MTC-00013503
inetnow@ hotmail.com | 0001 | MTC-00025480
inezi@ aol.com | 0001 | MTC-00026348
Ingalls, David R. | 0001 | MTC-00011623
Ingleby, Adam | 0001 | MTC-00023124
Ingrafra, Joseph | 0001 | MTC-00024950
Ingram, Eric | 0001 | MTC-00017301
Ingram, F N | 0001 | MTC-00024486
Ingram, Lillian | 0001 | MTC-00012018
Inness-Brown, Hugh | 0001 | MTC-00029317
Int-Hout, Rodney | 0002 | MTC-00033309
Ioffe, Edward | 0001 | MTC-00020296
Iossa, Carol | 0002 | MTC-00032181
Iossa, Carol | 0002 | MTC-00032479
Ippoliti, Marianne | 0001 | MTC-00025937
Ira | 0001 | MTC-00010190
Irby, Janie | 0002 | MTC-00032271
Irvine-Broque, Brendan | 0001 | MTC-00014024
Irving, Brian | 0001 | MTC-00032699
Isaacs, George | 0001 | MTC-00012241
Isaak, Patricia | 0001 | MTC-00012295
Isabella, Theodore A. | 0003 | MTC-00021198
isawing@ yahoo.com | 0001 | MTC-00028608
Isenberger, Dean | 0001 | MTC-00012375
Ishimi, Leslie | 0001 | MTC-00008624
Isley, Richard | 0001 | MTC-00009465
Isley, Robert Arnold | 0002 | MTC-00032503
Isom, Lynne | 0001 | MTC-00022397
Ivers, Henry | 0001 | MTC-00031743
Ives, Arthur | 0002 | MTC-00033321
iveycrft@ bellsouth.net | 0001 | MTC-00017321
Ivy, Brennan | 0001 | MTC-00023301
Iwalup@ aol.com | 0001 | MTC-00012418
jabathomp@ aol.com | 0001 | MTC-00011325
Jabbar, Abdul | 0001 | MTC-00000075
Jachens, Albert M. | 0001 | MTC-00029379
Jack, Jack | 0001 | MTC-00025622
Jackfrew@ aol.com | 0001 | MTC-00026027
Jackson, Bob | 0001 | MTC-00009632
Jackson, Catherine | 0001 | MTC-00022097
Jackson, Gina | 0001 | MTC-00012317
Jackson, Helga | 0001 | MTC-00011800
Jackson, Jason | 0001 | MTC-00003782
Jackson, Richard | 0001 | MTC-00005639
Jackson, Robert | 0001 | MTC-00021867
Jackson, Robert | 0002 | MTC-00033035
Jackson, Roscoe | 0001 | MTC-00007587
Jackson, W R Jr. | 0001 | MTC-00029032
Jackson, WR Jr. | 0001 | MTC-00012290
Jacob, Bruce | 0017 | MTC-00002665
Jacobs, Elizabeth | 0001 | MTC-00025222
Jacobs, Jeffrey | 0001 | MTC-00026636
Jacobs, Jonathan | 0001 | MTC-00014241
Jacobs, Troy L. | 0002 | MTC-00001021
Jacobsen, Roseanne | 0001 | MTC-00021849
Jacobson, David | 0001 | MTC-00012275
Jacobson, Lowell | 0002 | MTC-00007417
jaeger@ oakharbor.net | 0001 | MTC-00017297
Jaeggli, Ralph G. | 0001 | MTC-00023300
Jaehrling, Michael | 0002 | MTC-00028984
Jaggi, Owie | 0002 | MTC-00009029
JakeP@ Prodigy.net | 0001 | MTC-00000026
jalsardl@ 1x.netrom.com | 0001 | MTC-00014313
James, Jeffrey | 0001 | MTC-00032770
James, Joseph | 0001 | MTC-00021811
James, Laurel | 0001 | MTC-00012004
James, Laurel | 0001 | MTC-00002740
James, Michael R. | 0002 | MTC-00025785
James, Trudy | 0001 | MTC-00020933
Jameson, George | 0002 | MTC-00033303
Jamieson, Douglas | 0001 | MTC-00013037
Janasiewicz, Stanley | 0001 | MTC-00025830
Janda, Debbie | 0001 | MTC-00022538
JanH1999@ aol.com | 0001 | MTC-00008432
Janice | 0001 | MTC-00013905
JanieKemp@ aol.com | 0001 | MTC-00007403
Jansen, Jamie | 0002 | MTC-00010055
Janssen, Sondra | 0001 | MTC-00003469
Janssn, Mikael | 0002 | MTC-00014029
Jantho, Charles | 0001 | MTC-00012125
Jantho, Charles | 0001 | MTC-00012069
Jantz, Clifford | 0001 | MTC-00032608
Jantzen, David | 0001 | MTC-00024053
Jarnett, Fred | 0001 | MTC-00012735
Jarrard, Jeff | 0001 | MTC-00029382
Jarrell, Joe | 0001 | MTC-00000694
Jarrell, Randall | 0001 | MTC-00009348
Jarrett, Shawn | 0002 | MTC-00010164
Jason | 0001 | MTC-00022822
Jaszewski, Michael | 0001 | MTC-00011685
jauregui1@ prodigy.net | 0001 | MTC-00011119
Jawahan, Mundlapati | 0002 | MTC-00032435
Jayjack, Edward | 0002 | MTC-00033062
Jazz, Hugh | 0001 | MTC-00003723
jblack000@ yahoo.com | 0001 | MTC-00028619
jcromie@ divsol.com | 0001 | MTC-00003011
jdoresl228@ aol.com | 0001 | MTC-00026433
Jeanmougin, Ronald | 0001 | MTC-00001084
JEastin4@ aol.com | 0001 | MTC-00006950
Jeff | 0002 | MTC-00013641
jeffnjohn@ starpower.net | 0001 | MTC-00015988
Jemison, William | 0002 | MTC-00033295
Jenkel, Robert and Joyce | 0001 | MTC-00023579
Jenkel, Robert L. | 0001 | MTC-00029358
Jenkins, Charles | 0001 | MTC-00012635
Jenkins, Everett D. | 0001 | MTC-00012501
Jenkins, Kathleen | 0001 | MTC-00012124
Jennewein, Douglas M. | 0001 | MTC-00016909
Jennings, Bob | 0001 | MTC-00007324
Jennings, Charles | 0001 | MTC-00024072
Jennings, Robert | 0001 | MTC-00013255
Jennings, T. Mack | 0001 | MTC-00011741
Jennings, Tim | 0001 | MTC-00025406
Jensen, Daniel | 0001 | MTC-00020089
Jensen, Darlene | 0001 | MTC-00013232
Jensen, Inez | 0001 | MTC-00007266
Jensen, Needon | 0001 | MTC-00026565
Jensen, Rep | 0001 | MTC-00009731
Jensen, Tim | 0001 | MTC-00020054
Jenson, Margo | 0001 | MTC-00006735
Jergins, Michael | 0001 | MTC-00024873
Jerome, Jerome | 0001 | MTC-00022111
jeronamo69@ hotmail.com | 0001 | MTC-00028175
Jerry | 0001 | MTC-00011399
Jerry, Dan | 0001 | MTC-00010309
jerry@ amusementconsulting.com | 0001 | MTC-00017260
Jervis, Amanda | 0001 | MTC-00032854
Jesle, Alissa | 0001 | MTC-00011864
jethro23@ juno.com | 0001 | MTC-00026478
Jilek, B. L. | 0001 | MTC-00004281
Jim | 0001 | MTC-00001840
jim(092)va7gpd(092)n7gpd | 0001 | MTC-00009604
jimc@ accipio.com | 0001 | MTC-00012744
Jiminez, Serafin | 0002 | MTC-00011222
Jiminez, Sergio | 0001 | MTC-00011183
jimj@ value.net | 0001 | MTC-00011122
jimwelsh@ bellsouth.net | 0001 | MTC-00010459
jjangard@ aol.com | 0001 | MTC-00033646
JJPorrett@ aol.com | 0001 | MTC-00007527
jmd@ wrkgrp.com | 0001 | MTC-00024778
jmmitchelljr@ earthlink.net | 0001 | MTC-00023362
jmorris | 0001 | MTC-00012129
jmpeterson@ aolu.mit.edu | 0001 | MTC-00015940
JMW | 0001 | MTC-00014656
joe—213@ hotmail.com | 0001 | MTC-00028622
Johansen, Judy | 0001 | MTC-00012969
Johansson, James | 0001 | MTC-00014410
John | 0001 | MTC-00006900
John, David | 0001 | MTC-00009467
john@ inetplus.net | 0001 | MTC-00028627
Johnaker@ aol.com | 0001 | MTC-00006686
Johnson Jr., Basil | 0001 | MTC-00005195
Johnson, Andrew | 0002 | MTC-00010091
Johnson, Betty | 0001 | MTC-00023864
Johnson, Betty | 0001 | MTC-00033368
Johnson, Bill | 0001 | MTC-00005725
Johnson, Billie | 0001 | MTC-00006696
Johnson, Bradley | 0002 | MTC-00001351
Johnson, Bradley R. | 0002 | MTC-00027976
Johnson, Carolyn and Gerald | 0001 | MTC-00032702
Johnson, Charley | 0001 | MTC-00013674
Johnson, Dawn | 0002 | MTC-00032317
Johnson, Dean | 0001 | MTC-00010663
Johnson, Del | 0001 | MTC-00020339
Johnson, Donald | 0001 | MTC-00032611
Johnson, Donald and Kathryn | 0001 | MTC-00013737
Johnson, E. H. John | 0001 | MTC-00008483
Johnson, Ed | 0001 | MTC-00012195
Johnson, Jerry | 0001 | MTC-00007950
Johnson, Kathleen | 0001 | MTC-00021858
Johnson, L.E. | 0001 | MTC-00028993
Johnson, Mark | 0002 | MTC-00022052
Johnson, Mary | 0003 | MTC-00032343
Johnson, Michael | 0001 | MTC-00026408
Johnson, Monty | 0001 | MTC-00011510
Johnson, Norm | 0001 | MTC-00005895
Johnson, Romica | 0001 | MTC-00003521
Johnson, Sandi | 0001 | MTC-00012191
Johnson, Scott | 0001 | MTC-00012273
Johnson, Tamey | 0001 | MTC-00011743
Johnson, Walter L. | 0001 | MTC-00033576
Johnson, Wendy | 0001 | MTC-00011740
Johnson< jeff | 0001 | MTC-00017190
Johnston, David | 0001 | MTC-00020638
Johnston, Earl | 0002 | MTC-00011679
Johnston, John | 0001 | MTC-00026597
Johnston, Mary | 0002 | MTC-00033081
Johnston, Nick | 0001 | MTC-00013889
Johnston, Robert | 0001 | MTC-00002020
Johnston, Wilburt and Dorothy H | 0001 | MTC-00011490
jojame36@ aol.com | 0001 | MTC-00015979
jojame@ aol.com | 0001 | MTC-00015976
Joki, Judy | 0001 | MTC-00026365
Joki, Mr. and Mrs. Thomas A. | 0002 | MTC-00010288
Jolly, E.L. | 0001 | MTC-00012955
jonathan@ corbett.net | 0001 | MTC-00011307
Jones, Bob | 0001 | MTC-00024782
Jones, Bobby | 0002 | MTC-00033033
Jones, Brian | 0001 | MTC-00016040
JOnes, Bryan William | 0003 | MTC-00012835
Jones, Carole L. | 0001 | MTC-00021509
Jones, Charles Jr. | 0001 | MTC-00026489
Jones, Earl | 0002 | MTC-00033182
Jones, Elaine | 0001 | MTC-00021776
Jones, Elizabeth | 0001 | MTC-00008677
Jones, Gideon | 0001 | MTC-00020872
Jones, Jerry | 0001 | MTC-00032887
Jones, John S. | 0001 | MTC-00010902
Jones, Kevin | 0001 | MTC-00013228
Jones, Marcia | 0001 | MTC-00029095
Jones, Matthew | 0002 | MTC-00009927
jones, Millie | 0001 | MTC-00007312
Jones, Ruth | 0001 | MTC-00024210
Jones, Tom | 0002 | MTC-00017208
Jonpi | 0002 | MTC-00033228
Jonson, Edward | 0001 | MTC-00032610
Jonson, Hank | 0001 | MTC-00023371
Joppien, Patricia | 0001 | MTC-00022042
Jordan, Bill | 0001 | MTC-00000002
Jordan, Gaynelle | 0001 | MTC-00028480
Jordan, Jim | 0001 | MTC-00021671
Jordan, Marilyn | 0001 | MTC-00023757
Jordan, Mike | 0001 | MTC-00021543
Jordan, Rob | 0001 | MTC-00032545
Jordan, Roberta | 0001 | MTC-00020542
Jordon, Donald | 0001 | MTC-00009623
Jorgensen, Jerry | 0002 | MTC-00032349
Jorgenson, George J. | 0002 | MTC-00009070
jorjw@ msn.com | 0001 | MTC-00028139
Joseph-Nickels, Andrea | 0002 | MTC-00002521
joseph@ enrico-associates.com | 0001 | MTC-00010390
Josh | 0001 | MTC-00004562
Jotr2@ aol.com | 0001 | MTC-00007271
Jourer, Mary E. | 0001 | MTC-00009075
Joy, Carol | 0001 | MTC-00008378
Joyce, Robert and Renee | 0001 | MTC-00020664
Joyner, Keith | 0001 | MTC-00013966
jpderyke151@ aol.com | 0001 | MTC-00015995
JPiscioner@ aol.com | 0001 | MTC-00008434
jrb312@ bellsouth.net | 0001 | MTC-00011316
Jreece@ northstate.net | 0001 | MTC-00028712
jreed@ cabq.gov | 0001 | MTC-00011311
jrew600891@ aol.com | 0001 | MTC-00009228
JSB | 0001 | MTC-00013122
jsb | 0001 | MTC-00012064
Jude, Joyce | 0001 | MTC-00020929
Judickas, Leonard | 0001 | MTC-00032926
Jugoz, Olga Leilani | 0001 | MTC-00022680
Julian, Lillian | 0001 | MTC-00020604
Juliolis, Linas | 0001 | MTC-00026281
Julsxm@ aol.com | 0001 | MTC-00007901
julwalters@ msn.com | 0001 | MTC-00010929
Jurgensen, Mark | 0001 | MTC-00011776
Juster, Gregory | 0001 | MTC-00013269
Justiniano, Anthony | 0001 | MTC-00023201
Juve, Eric K. | 0002 | MTC-00002986
JWD321@ aol.com | 0001 | MTC-00005613
Jwebb71561@ aol.com | 0001 | MTC-00010440
K., Kathy | 0001 | MTC-00009315
K@ nn.ultranet.com | 0001 | MTC-00017215
Kabakov, Alexander | 0001 | MTC-00012511
Kabart, Richard | 0002 | MTC-00032149
Kabila, Martin | 0002 | MTC-00013783
Kadechka, Bob | 0001 | MTC-00011604
Kahler, Clarence | 0001 | MTC-00025335
Kahn, Ernest | 0001 | MTC-00028774
Kahn, Marilyn | 0001 | MTC-00022605
Kaitchuck, Tom | 0001 | MTC-00012866
Kajne, Joseph | 0001 | MTC-00019467
Kalar, Allan | 0001 | MTC-00008080
Kalar, Allan | 0001 | MTC-00023215
Kallander, Sandra | 0001 | MTC-00010865
Kamar, Abdullah | 0001 | MTC-00013184
Kameaan, Paul O. | 0001 | MTC-00030390
Kaminski, Dennis | 0001 | MTC-00002677
Kane, Joseph | 0001 | MTC-00011204
Kangas, Todd | 0001 | MTC-00029692
Kanley, Kevin | 0001 | MTC-00009934
Kantner, Eve | 0001 | MTC-00020732
Kantner, Eve | 0001 | MTC-00032630
Kapikian, Carl K. | 0001 | MTC-00005107
Kapikran, C. | 0001 | MTC-00008370
Kapler, Paul | 0001 | MTC-00006997
Karaus, Thomas | 0001 | MTC-00025213
Kardell, Shirley | 0001 | MTC-00020289
Karen, Karen | 0001 | MTC-00024160
Karner, Candice | 0001 | MTC-00022777
Kasje, Bill | 0001 | MTC-00002885
Kassan, Henry D. | 0001 | MTC-00001026
Kasson, MIke | 0001 | MTC-00028033
Kasten, Marjorie | 0001 | MTC-00012292
Kateraas, Torgeir | 0001 | MTC-00010950
Kateraas, Torgeir | 0002 | MTC-00025225
Katz, Bernard | 0001 | MTC-00029267
Katz, Diane S. | 0001 | MTC-00028564
Katz, Solomon | 0001 | MTC-00010203
Katzer, Matt | 0001 | MTC-00012382
Kauffman, Craig S. | 0001 | MTC-00013993
Kavaney, Jerome | 0001 | MTC-00010138
Kay, Al | 0001 | MTC-00020491
Kay, rich | 0001 | MTC-00012756
kayak44@ netzero.net | 0001 | MTC-00013833
Kaye, Joseph | 0001 | MTC-00020149
Keagy, Robert | 0001 | MTC-00027291
Keane, James | 0002 | MTC-00010010
Keating, David | 0001 | MTC-00020628
Keating, James | 0001 | MTC-00000237
Keck, Dwaine F. | 0001 | MTC-00012259
Keebler, Harold | 0002 | MTC-00033250
Keefer, Darlene | 0001 | MTC-00026474
Keefer, James | 0001 | MTC-00024581
Keenan, Frank | 0001 | MTC-00028525
Keene, Richard | 0001 | MTC-00021506
Keener, Gary | 0001 | MTC-00009605
Keener, Jimmy | 0001 | MTC-00013265
Keenoy, Yvonne | 0001 | MTC-00028693
Keep, Scott F. | 0001 | MTC-00027622
Keesee, Ted | 0001 | MTC-00008495
Keith, Dan | 0001 | MTC-00008445
Keith, R. | 0001 | MTC-00012185
Keith, Randy | 0001 | MTC-00010005
Kelder, George | 0001 | MTC-00012250
Kellar, Wayne | 0001 | MTC-00020332
Keller, Christine | 0001 | MTC-00033805
Keller, David | 0001 | MTC-00001837
Keller, Ken | 0001 | MTC-00025371
Keller, P. A. | 0001 | MTC-00007481
Keller, SD> andra | 0003 | MTC-00029494
Kellermann, Colleen | 0001 | MTC-00013661
Kelley, Larry | 0002 | MTC-00032209
Kelley, Robert | 0001 | MTC-00021706
Kelley, Robert | 0001 | MTC-00021707
Kelley, Shane | 0001 | MTC-00010800
Kelling, Verne | 0001 | MTC-00020325
Kellogg, Sharon | 0001 | MTC-00012214
Kellum, Edward E. | 0001 | MTC-00011984
Kelly Joyce | 0001 | MTC-00013960
Kelly, Brian | 0002 | MTC-00004457
Kelly, Brian | 0001 | MTC-00004472
Kelly, Carol | 0002 | MTC-00032397
Kelly, John | 0001 | MTC-00007221
Kelly, Joyce | 0001 | MTC-00029072
Kelly, Julie | 0001 | MTC-00023303
Kelly, Kevin and Marjorie | 0001 | MTC-00007348
Kelly, Michael | 0001 | MTC-00006214
Kelly, Paul | 0001 | MTC-00008267
kellythm@ hotmail.com | 0001 | MTC-00028154
Kelsey, Landon | 0001 | MTC-00010816
Kelton, Jackie | 0001 | MTC-00023221
Kemmer, Beth | 0001 | MTC-00008131
Kemperdice, Ralph | 0001 | MTC-00009708
Kendrick, Francis | 0001 | MTC-00032631
Kenfield, Jim | 0001 | MTC-00023660
Kennedy, Margaret | 0002 | MTC-00033319
Kennedy, Maxie M | 0001 | MTC-00012309
Kennedy, Virginia B. | 0001 | MTC-00029204
Kenney, Vonnie | 0001 | MTC-00013217
kennhat@ attbi.com | 0001 | MTC-00024795
Kenny, William | 0001 | MTC-00008056
Kent, William | 0002 | MTC-00033249
kentbraun@ home.com | 0001 | MTC-00010389
kenyon, Gordon H. | 0001 | MTC-00025435
Kenyon, Hal | 0001 | MTC-00011578
Kenyon, Sanford | 0001 | MTC-00009952
Keogh, Bertha | 0001 | MTC-00011826
Keough, Bill | 0001 | MTC-00028442
Keplar, Loretta | 0001 | MTC-00023382
Keplar, Thomas | 0001 | MTC-00029372
Ker, Roger | 0001 | MTC-00021150
Keramidas, Gary | 0001 | MTC-00010799
Kerkering, Susan | 0001 | MTC-00022881
Kerlin, Rick | 0001 | MTC-00011991
Kern, John | 0001 | MTC-00012936
Kernaghan | 0001 | MTC-00024804
Kerns, Richard | 0001 | MTC-00000882
Kersey, Vivian | 0001 | MTC-00012496
Kersteen, Robert | 0001 | MTC-00032651
Kessinger, AG | 0001 | MTC-00013406
Kessler, Charles E. | 0002 | MTC-00030769
Ketchu, Don | 0001 | MTC-00012409
Ketterson, Tim Sr. | 0001 | MTC-00021109
Kever, Elvin | 0001 | MTC-00009746
Keyes, Vinent Mike | 0001 | MTC-00012422
KFCrabtree@ aol.com | 0001 | MTC-00015985
Khosravy, Moe | 0001 | MTC-00020235
Kibbe, Sumner | 0001 | MTC-00032858
Kichler, Brian | 0001 | MTC-00013897
Kichman, Michelle | 0001 | MTC-00013020
Kick, M. G. Fred | 0001 | MTC-00014108
Kidd, Billy | 0001 | MTC-00033020
Kidd, Richard | 0001 | MTC-00023607
Kieft, Ellen Vande | 0001 | MTC-00022933
Kiekhofer, Mary | 0001 | MTC-00029229
KIGERWELL@ aol.com | 0001 | MTC-00006789
Kiker, Thomas | 0001 | MTC-00023880
Kilfoil, Cliff | 0001 | MTC-00003378
Kilgore, Jim | 0001 | MTC-00012019
Killmer, Dick | 0001 | MTC-00020467
Killorn, Curtis | 0002 | MTC-00012148
Kilmer, Ray | 0001 | MTC-00008300
Kilstrom, Derek | 0002 | MTC-00032290
Kim, Dong | 0001 | MTC-00003158
Kimber, W. Lawrence | 0001 | MTC-00010046
Kimber, W. Lawrence | 0001 | MTC-00032476
Kimbrell, Davie | 0001 | MTC-00032880
Kimmel, Derek | 0001 | MTC-00013026
Kindle, Scott | 0001 | MTC-00014163
King, Barbara | 0001 | MTC-00012221
King, Bryant A. | 0001 | MTC-00013929
King, Carl | 0002 | MTC-00032442
King, Darrell | 0001 | MTC-00018498
King, Deborah | 0001 | MTC-00021120
King, James | 0001 | MTC-00032638
King, Jason | 0001 | MTC-00016449
King, JoAnn | 0001 | MTC-00032814
King, Larry | 0001 | MTC-00022148
King, Malcolm C. | 0001 | MTC-00008303
King, Marilyn | 0001 | MTC-00012653
King, P.G. | 0001 | MTC-00010115
King, Steve | 0002 | MTC-00032156
Kingsley, Cindy | 0001 | MTC-00020955
Kingsley, Cindy | 0001 | MTC-00020956
Kinney, Robert | 0002 | MTC-00033286
Kinney, Steve | 0002 | MTC-00004044
Kinsella, Mary | 0001 | MTC-00009251
Kipp, Carl | 0002 | MTC-00022198
Kirby, Josh | 0001 | MTC-00015251
Kirby, Melissa A. | 0002 | MTC-00010945
Kirchofer, Richard A. | 0001 | MTC-00009216
Kirk, Diane | 0001 | MTC-00010185
Kirk, Janet | 0001 | MTC-00011828
Kirk, Michael | 0001 | MTC-00022330
Kirkland, Marylynne | 0001 | MTC-00028968
Kirkpatrick, James S. | 0001 | MTC-00005611
Kirkpatrick, Jean | 0001 | MTC-00012472
Kirkwood, Robert S. | 0001 | MTC-00009443
Kisch, Mike | 0002 | MTC-00032179
Kisch, Mike | 0001 | MTC-00013936
Kiser, Richard | 0001 | MTC-00022479
Kittelman, Marilyn | 0001 | MTC-00032995
Kitten, Latisha | 0001 | MTC-00022113
Kjacob!@ thurston.com | 0001 | MTC-00011296
kkidder778@ aol.com | 0001 | MTC-00028631
Klages, George | 0002 | MTC-00032267
Klages, George | 0002 | MTC-00032469
Klain, Ronald | 0127 | MTC-00028284
Klaser, Kent | 0001 | MTC-00021015
Klass, Margaret | 0001 | MTC-00021022
Kleiman, Bernice | 0001 | MTC-00026629
Klein, Audrey | 0001 | MTC-00008516
Klein, Carol Dixon | 0001 | MTC-00012017
Klein, Jerry | 0001 | MTC-00014363
Kleinbart, Morrie | 0001 | MTC-00020649
Kleinbart, Morrie | 0001 | MTC-00020650
Kleinknecht, Sarah E. | 0001 | MTC-00027922
Kleinpeter, Richard | 0001 | MTC-00013006
Klem, Thomas | 0001 | MTC-00003333
Klempel, John | 0001 | MTC-00025897
Kleppinger, Gerald | 0001 | MTC-00026172
Klessig, Donna | 0001 | MTC-00021662
Klestinez, Martino | 0002 | MTC-00003384
Klick, Luther | 0002 | MTC-00033114
Klier, DV | 0002 | MTC-00033288
Kline, Harold | 0001 | MTC-00027848
Klinger, Ken | 0001 | MTC-00005881
Klohr, Leo | 0003 | MTC-00000655
Klohr, Leo | 0002 | MTC-00000656
Klopstad, J. Marvin | 0001 | MTC-00027312
Kluczytsky, Christian | 0001 | MTC-00027507
Klueber, Bill | 0001 | MTC-00012579
kmbrink@ regerce.com | 0001 | MTC-00017254
kmr@ wmblair.com | 0001 | MTC-00013335
Knapp, Cynthia | 0001 | MTC-00012675
Knaus, Larenz | 0002 | MTC-00014634
Knebel, Felix | 0002 | MTC-00032499
Kneen, James | 0001 | MTC-00020492
Knepper, Stanley | 0001 | MTC-00000956
knick, Eric | 0001 | MTC-00010167
Knight, Cynthia | 0001 | MTC-00012247
Knight, David | 0001 | MTC-00022759
Knight, David | 0001 | MTC-00031748
Knight, Gordon | 0001 | MTC-00006759
Knight, Paul | 0001 | MTC-00032962
Knirk, Eric | 0001 | MTC-00010168
Knoll, Arthur | 0002 | MTC-00015778
Knorr, Rosemarie | 0001 | MTC-00026431
Knouse, Russell | 0001 | MTC-00021445
Knowles, Harvey and Charlene | 0001 | MTC-00033209
knstreck@ pionet.net | 0001 | MTC-00010372
Knudsen, Maurice | 0001 | MTC-00012237
Knudsen, Mauridce | 0001 | MTC-00020713
Koach, Eric | 0001 | MTC-00005729
Koby | 0001 | MTC-00004276
Koch, Dick | 0001 | MTC-00006859
Koch, Frank | 0001 | MTC-00010615
Koch, Robert | 0002 | MTC-00033208
Kochanek, Donald | 0001 | MTC-00029287
Kocsis, Jeannine | 0002 | MTC-00033251
Kocurko, Tony | 0001 | MTC-00004499
Koedel, Gil | 0001 | MTC-00012540
Koehler, Stephen | 0001 | MTC-00032563
Koehn, Mike | 0001 | MTC-00014080
Koenecke, Michael A. | 0001 | MTC-00024202
Koenig, Mike | 0001 | MTC-00020766
Kofoed, Reed | 0002 | MTC-00014428
Kogut, Vladimir | 0001 | MTC-00004106
Kohagen Jessica | 0001 | MTC-00027504
Kohagen, Jesseca | 0001 | MTC-00033561
Kohlman, Herman | 0002 | MTC-00032164
Koken, Bernd | 0002 | MTC-00033030
Kokoski, Richard | 0001 | MTC-00002769
Koller, Grete | 0002 | MTC-00033328
Kollmansberger, Don | 0001 | MTC-00007428
Kolpf, Lynne | 0001 | MTC-00015561
Komaki-Wood, Andrew | 0001 | MTC-00003123
Koons, Glenn | 0001 | MTC-00024649
Kooty, Lauren | 0001 | MTC-00028409
Kopacz, Bill | 0001 | MTC-00003293
Koppenhoefer, Jon | 0002 | MTC-00032216
Kordieh, Yaw | 0001 | MTC-00027031
Korn, Norma | 0001 | MTC-00008128
Korn, Norma | 0001 | MTC-00011999
Kornelis, Mitch | 0001 | MTC-00019074
Korrell, Harry | 0001 | MTC-00021335
Kossman, Robert | 0001 | MTC-00008494
Kostenbauder, Sharon | 0001 | MTC-00024103
Kot, J.R> | 0001 | MTC-00027796
Kothari, Nikhil | 0001 | MTC-00020230
Kotyuk, Gerald | 0001 | MTC-00012269
Koufus@ pacbell.net | 0001 | MTC-00028764
Kousaleos, George M. | 0001 | MTC-00011929
Kovacs, George | 0002 | MTC-00032519
Koval, John | 0001 | MTC-00007930
Kovalsky, Julian | 0001 | MTC-00014019
Kowalczyk, Elizabeth | 0001 | MTC-00007582
Kowalski, Leo | 0001 | MTC-00001347
Kown, Wilson | 0002 | MTC-00033526
Kozimor, Nick | 0001 | MTC-00026055
Kozlowski, Ludwik | 0001 | MTC-00010595
Kozlowski, Ludwik | 0001 | MTC-00029145
Kozojed, Sharon and Anthony | 0001 | MTC-00007972
kpetraro@ aol.com | 0001 | MTC-00014529
Kraatz, Robert G. | 0001 | MTC-00020286
Kraatz, Robert G. | 0001 | MTC-00009912
Kraemer, John | 0001 | MTC-00013215
Kraemer, John | 0001 | MTC-00026438
Kraft, Arnold | 0001 | MTC-00010772
Kralik, David W. | 0001 | MTC-00010026
Kralik, James | 0001 | MTC-00007379
Kramlich, Shirlain | 0001 | MTC-00014127
Krannawitter, Art | 0001 | MTC-00024841
Krass, Jim | 0001 | MTC-00011478
Krautle, Jason | 0001 | MTC-00003445
Kremer, Sandy | 0001 | MTC-00023252
Kremkus, Manfred | 0001 | MTC-00012335
Kreppar, Stanley R. | 0001 | MTC-00012151
Kreuter, L. | 0001 | MTC-00007649
Kreutzberg, Curtis | 0001 | MTC-00010574
Krier, Stanley | 0002 | MTC-00033324
Krist, Michael | 0001 | MTC-00013170
Kroll, Marian | 0001 | MTC-00023793
Kroll, William | 0001 | MTC-00014132
Kron, Kenneth | 0002 | MTC-00011823
Krug, Joseph | 0001 | MTC-00019453
Krvaric, Rikard | 0002 | MTC-00032202
Krvaric, Tony P. | 0002 | MTC-00006009
Krystyniak. Mary | 0001 | MTC-00013727
Kubec, Beverly | 0001 | MTC-00020795
Kubera, Bob | 0001 | MTC-00023900
Kubli, Walter | 0001 | MTC-00012183
Kudzol, Joseph | 0002 | MTC-00033077
Kuechmann, Maria | 0001 | MTC-00007959
Kuhlman, Kenny | 0001 | MTC-00012973
Kulkami, Shanti | 0001 | MTC-00028270
Kull, Jim | 0001 | MTC-00027693
Kumsaen, Tinnakorn | 0001 | MTC-00003093
Kunza, Ray | 0001 | MTC-00012624
Kurecka, Christopher Joseph | 0002 | MTC-00010011
Kurtock, E | 0001 | MTC-00020756
Kurtuau, Jonathan | 0001 | MTC-00024578
Kurtz, Bailey | 0001 | MTC-00009513
Kurzon, George | 0001 | MTC-00014369
Kush, Lou G | 0001 | MTC-00010632
Kush, Mary F. | 0001 | MTC-00009414
Kuske, Michael | 0001 | MTC-00000288
Kussow, Matt | 0001 | MTC-00001108
Kuster, Christian | 0001 | MTC-00002822
Kuzma, Kirk S. | 0002 | MTC-00003949
Kuzma, Marie | 0001 | MTC-00014240
Kuzma, Marie | 0001 | MTC-00024580
Kuzma, ML | 0001 | MTC-00011558
Kwasniak, Joseph T. | 0001 | MTC-00013992
Kydonieus, N. | 0001 | MTC-00008614
L'Esperanie, Francis A. Jr. | 0001 | MTC-00012123
La Palme, Joe | 0001 | MTC-00001712
Labrique, Jean | 0001 | MTC-00001984
Labrique, Jean | 0001 | MTC-00002031
Laconis, Vincent | 0001 | MTC-00024755
LaCour, Marjorie | 0001 | MTC-00026448
Laczko, Robert | 0001 | MTC-00021124
LaGreca, Genevieve | 0001 | MTC-00009560
Lahann, Doug | 0001 | MTC-00030707
Lahann, Doug | 0001 | MTC-00030723
Laird, Gloria | 0001 | MTC-00022577
Lake, James | 0001 | MTC-00023129
Lake, Peter | 0001 | MTC-00010397
Lalaadal@ aol.com | 0001 | MTC-00014236
Lamb, Pierre | 0001 | MTC-00014932
Lambert, Edgar | 0001 | MTC-00008068
Lambert, Gregory | 0001 | MTC-00029464
Lambert, Karel J. | 0004 | MTC-00032130
Lambert, Michael | 0002 | MTC-00032195
Lambert, Roland | 0001 | MTC-00021463
Lambert, Terry | 0001 | MTC-00020569
Lambo, James | 0001 | MTC-00011983
Lambright, Ray | 0001 | MTC-00032876
lamcy@ aol.com | 0001 | MTC-00017305
Lamm, Randy | 0001 | MTC-00020935
Lammert, Pat | 0001 | MTC-00026421
Lamonte, Joe | 0001 | MTC-00014047
Land, Rosetta | 0001 | MTC-00021576
Lander, Nigel | 0001 | MTC-00012194
Landes, Rodger | 0002 | MTC-00033092
Landfield, Jim | 0001 | MTC-00006951
Landon, Ken | 0001 | MTC-00008746
Landon, Ken | 0001 | MTC-00000677
Landrum, Troy | 0001 | MTC-00032694
Landry, Robert | 0001 | MTC-00022246
Landry, Sallie | 0001 | MTC-00029164
Lane, Annie | 0001 | MTC-00021019
Lane, Annie M. | 0001 | MTC-00009281
Lane, Dianne | 0001 | MTC-00026335
Lane, Gregory | 0001 | MTC-00013734
Lane, Gregory | 0001 | MTC-00023710
Lane, James | 0001 | MTC-00027815
Lane, Louise | 0002 | MTC-00032198
Lang, William | 0001 | MTC-00029015
Lange, Donna | 0001 | MTC-00032940
Lange, Peter | 0001 | MTC-00020734
Langer, Jurian | 0001 | MTC-00013758
Langford, Dale | 0001 | MTC-00010114
Langford, Everett | 0001 | MTC-00028724
Langhorne, Rick | 0001 | MTC-00024241
Langley, Jim | 0001 | MTC-00000825
Langlois, Richard | 0001 | MTC-00007497
Langsford, Dana | 0002 | MTC-00032207
Lankford, Ella B | 0001 | MTC-00027422
Lankford, Ella B | 0001 | MTC-00033531
Lankford, Robert | 0001 | MTC-00026376
Lann, Sue | 0001 | MTC-00014470
Lano, Eva | 0001 | MTC-00020295
Lappoehn, Eric B. | 0001 | MTC-00025609
Lapsley, Marc | 0001 | MTC-00007393
Largent, Brenda | 0001 | MTC-00012875
Larisey, Paul | 0002 | MTC-00026743
LaRiviere, Rob | 0001 | MTC-00025063
Larken, Dan | 0001 | MTC-00007030
LaRocca, Mary | 0001 | MTC-00012975
Larrea, Jose F. | 0001 | MTC-00003119
Larrys@ Macupgrades.com | 0001 | MTC-00001825
Larsen, Glen | 0001 | MTC-00021065
Larsen, Ken | 0001 | MTC-00006673
Larsen, Larry | 0001 | MTC-00022426
Larson, Cecilia E. | 0001 | MTC-00020264
Larson, Cheryl | 0001 | MTC-00032937
Larson, Ethan | 0001 | MTC-00033410
Larson, Gregory | 0002 | MTC-00032217
Larson, Miriam | 0001 | MTC-00010611
Larsson, Martin | 0001 | MTC-00014477
Laskaris, Zanetta | 0001 | MTC-00012104
Lasko, Norman | 0001 | MTC-00029362
Lasnover, Alan | 0002 | MTC-00032614
Latif, Shabbir M. | 0001 | MTC-00003210
Latimer, Dollie | 0001 | MTC-00000887
Latinak, Adrian | 0001 | MTC-00010751
Latounette, Carol and George | 0002 | MTC-00032147
Latour, Rich | 0001 | MTC-00027036
Lattey, Gordon | 0001 | MTC-00006147
Laube, Arthur | 0001 | MTC-00006376
Lauck, Kane | 0001 | MTC-00013928
Laudel, Lois | 0001 | MTC-00022923
Laudel, William | 0002 | MTC-00033056
Lauder, Rick | 0001 | MTC-00011916
Laufman, Harrington B. | 0002 | MTC-00024090
Laundra, David | 0001 | MTC-00014871
Launius, Betty | 0001 | MTC-00024641
Laurence, John | 0001 | MTC-00020313
Laurie, Marilyn | 0001 | MTC-00029273
Laursen, Mark | 0001 | MTC-00004970
Lauver, Jean | 0001 | MTC-00028958
Lauzon, Patricia | 0001 | MTC-00032749
LaVeglia, Christopher | 0001 | MTC-00017527
Law, William | 0001 | MTC-00027347
Lawler, David | 0001 | MTC-00023861
Lawler, David | 0001 | MTC-00033365
Lawler, Mark | 0001 | MTC-00013926
Lawrance, Preston | 0001 | MTC-00032615
Lawrence | 0001 | MTC-00015989
Lawrence, Barbara | 0001 | MTC-00013958
Lawrence, Chris | 0001 | MTC-00019141
Lawrence, Frank | 0001 | MTC-00009526
Lawrence, Frank W. | 0001 | MTC-00020932
Lawrence, J.C. | 0001 | MTC-00026343
Lawrence, John | 0001 | MTC-00026006
Lawrence, Lenora | 0001 | MTC-00005972
Lawry, Ted | 0001 | MTC-00001151
Lawson, Floyd | 0002 | MTC-00032680
Lawson, Richard | 0001 | MTC-00014979
Lawyer, Virginia | 0001 | MTC-00020761
Layne, Charles E. | 0001 | MTC-00012359
Leach, Ray | 0001 | MTC-00028963
Leachman, Rob | 0002 | MTC-00004225
leatherneckdi@ hotmail.com | 0001 | MTC-00010400
LeBeau, Patty J. | 0001 | MTC-00012013
LeBlanc, James | 0001 | MTC-00021646
Leckie, Peter | 0001 | MTC-00004858
LeComte, Jean | 0001 | MTC-00001561
Lederle, Tim | 0001 | MTC-00012791
Lee, Andrew | 0001 | MTC-00000963
Lee, Charles | 0002 | MTC-00033253
Lee, David | 0001 | MTC-00025782
Lee, Elaine | 0001 | MTC-00022982
Lee, Jerry | 0002 | MTC-00032166
Lee, Joleen | 0001 | MTC-00022946
Lee, Linda | 0002 | MTC-00002226
Lee, Norm | 0002 | MTC-00032440
Lee, R. E. | 0001 | MTC-00005780
Lee, Russell | 0002 | MTC-00032203
Lee, Tearle | 0001 | MTC-00032580
Lee, Walter | 0001 | MTC-00020330
Lee, William | 0002 | MTC-00033100
Leeder, W. J. | 0001 | MTC-00006669
Leeser, Audrey K. | 0001 | MTC-00009420
Leffland, K. William | 0002 | MTC-00029748
LeForge, Elizabeth | 0001 | MTC-00032808
LeFort, Lee | 0001 | MTC-00023245
Legare, Virginia | 0002 | MTC-00033293
Legatzke, Allen | 0001 | MTC-00000355
Lehman, Alfred | 0002 | MTC-00033129
Lehnherr, Robert E | 0001 | MTC-00029506
Lehnherr, Robert E | 0001 | MTC-00033611
Leifeste, Douglas | 0001 | MTC-00011971
Leih, Janet | 0002 | MTC-00009219
Lejeune, Brian | 0001 | MTC-00023194
Leland, Ben | 0001 | MTC-00032797
LeLeux, Elmer | 0001 | MTC-00023747
Lemert, Robert | 0001 | MTC-00026136
Lemmon, willis S. | 0001 | MTC-00008979
Lemos, Manuel | 0001 | MTC-00022568
Lenfestey, Edwin | 0001 | MTC-00012378
Leng, David | 0001 | MTC-00023973
Lengquist | 0001 | MTC-00009143
Lenihan, Shawn | 0001 | MTC-00021013
Lenihan, Sonya | 0001 | MTC-00021018
Lento, Mark | 0001 | MTC-00013214
Lento, Mark | 0001 | MTC-00026481
leo244@ hotmail.com | 0001 | MTC-00016019
Leon, Nathan | 0001 | MTC-00011838
Leonard, David | 0001 | MTC-00014093
Leonard, F. | 0001 | MTC-00009452
Leonard, F. John | 0001 | MTC-00029396
Leonard, Joanne | 0001 | MTC-00011583
Leone, Judith | 0001 | MTC-00024153
Leontovich, Andy | 0001 | MTC-00012904
Leotakoms@ frontier.net | 0001 | MTC-00010658
Lerman, Jason | 0001 | MTC-00013651
Leszczynski, Thomas | 0001 | MTC-00029314
Lettie, Daryl D. | 0001 | MTC-00009422
Leui, Donald | 0002 | MTC-00032490
Leung, Thomas | 0001 | MTC-00029221
LeVasseur, Rachel | 0002 | MTC-00008797
Levbert, Susan | 0001 | MTC-00013098
Leverenz, Tim | 0001 | MTC-00001650
Leverett, F. Lynn | 0001 | MTC-00008055
Levi, Jasha | 0001 | MTC-00007711
Levine, Joseph and Doris | 0001 | MTC-00008813
Levy, Ernie | 0001 | MTC-00006452
Lewandowski, Peter | 0001 | MTC-00010294
Lewerenz, Eric | 0001 | MTC-00021674
Lewin, Howard | 0001 | MTC-00021561
Lewis, Bruce | 0002 | MTC-00033088
Lewis, Constance Reynolds | 0001 | MTC-00030509
Lewis, D. | 0001 | MTC-00027732
Lewis, Gary | 0001 | MTC-00032692
Lewis, James | 0001 | MTC-00014054
Lewis, Jason Matthew | 0001 | MTC-00027378
Lewis, Jerry | 0001 | MTC-00003245
Lewis, Michael | 0001 | MTC-00032843
Lewis, Mike | 0001 | MTC-00021133
Lewis, Perry | 0002 | MTC-00033086
Lewis, Robert | 0001 | MTC-00024710
Lewis, Tami | 0001 | MTC-00020684
Lewis, William | 0001 | MTC-00032845
Leydon, James | 0001 | MTC-00032925
LFiala@ aol.com | 0001 | MTC-00022299
Lias, John | 0002 | MTC-00009256
Liban, Gregory | 0002 | MTC-00033495
Lidington, Kay | 0001 | MTC-00010651
Lieb, Marlene | 0001 | MTC-00032676
liloc@ att.net | 0001 | MTC-00028121
Lilygren, jack | 0002 | MTC-00027142
limoman2929 | 0001 | MTC-00010721
Linamen, Herb | 0001 | MTC-00002352
Lincicum, Calin | 0001 | MTC-00013912
Lind, Lesley | 0001 | MTC-00013218
Lindauer, Matt | 0001 | MTC-00014141
Lindgren, Gary | 0001 | MTC-00027018
Lindley, Mike | 0001 | MTC-00009908
Lindner, James | 0001 | MTC-00029212
Lindon, Andy W. | 0001 | MTC-00026529
Lindsay, Edwina | 0001 | MTC-00006708
Lindsay, Ken | 0001 | MTC-00027889
Lindsay, Martell | 0001 | MTC-00005794
Ling, Dana | 0001 | MTC-00023355
Linganna, Sanjay | 0001 | MTC-00018469
Linker, Mary | 0001 | MTC-00010558
Linn, David R. | 0001 | MTC-00020416
Linnemann, Ernst | 0001 | MTC-00006916
Linowitz, Nathan M. | 0001 | MTC-00012305
Linton, James | 0001 | MTC-00009366
Lipford, Charles | 0001 | MTC-00032639
Lipinski, Terrence V. | 0001 | MTC-00011197
Lipka, Margaret | 0001 | MTC-00021336
Lipp, Robert | 0002 | MTC-00033082
Lippiatt, Adam | 0001 | MTC-00025774
Lipton, Douglas | 0001 | MTC-00009052
List, Sam | 0001 | MTC-00011539
Lister, George J. | 0001 | MTC-00000114
Lister, Troy | 0001 | MTC-00010694
Litizzette, Ed | 0001 | MTC-00006994
Littell, Judith | 0001 | MTC-00021496
Little, Gary | 0001 | MTC-00000840
Little, Ron | 0001 | MTC-00032777
Little, Ryan D. | 0001 | MTC-00021059
Littlefield, Shannon | 0001 | MTC-00029277
Littlejohn, Thomas | 0001 | MTC-00022634
Littmann, David | 0001 | MTC-00032819
Liu, Amy | 0001 | MTC-00009140
Liu, William | 0001 | MTC-00025244
Livengood, Dotti | 0001 | MTC-00024867
LJSJD19012@ aol.com | 0001 | MTC-00008156
LJSJD19012@ aol.com | 0001 | MTC-00014173
Lloyd, Betty | 0001 | MTC-00012175
Lloyd, CHris M. | 0001 | MTC-00011255
Lloyd, Doris | 0001 | MTC-00022202
Lloyd, Richard | 0001 | MTC-00022141
LMD1418@ aol.com | 0001 | MTC-00008823
LMELittle@ aol.com | 0001 | MTC-00007253
Loanzon, Buddy | 0001 | MTC-00024132
Lobbezoo, Steven | 0001 | MTC-00020234
Lobodzinski, Mark | 0001 | MTC-00022067
Lobosco, John | 0001 | MTC-00023205
Lobosco, Joseph | 0001 | MTC-00023202
Locatelli, Reubelita | 0001 | MTC-00013506
Lockey, William | 0001 | MTC-00021574
Lockwood, Jeff | 0001 | MTC-00021044
Loden, J.D. | 0001 | MTC-00008122
Loeb, Kenneth G | 0001 | MTC-00012233
Loebel, B, Mitchell | 0001 | MTC-00005168
Loeber, Debe | 0001 | MTC-00033007
Loebig, Frank | 0001 | MTC-00001113
Loeffler, Charles | 0002 | MTC-00032338
Loffler, Ivan | 0001 | MTC-00021047
Logue, Ed | 0001 | MTC-00007732
Lohry, SM | 0001 | MTC-00023895
Loindrith, George | 0001 | MTC-00031033
Lois | 0001 | MTC-00009197
Lokar, Robert | 0001 | MTC-00020741
lokofoed@ compuserve.com | 0001 | MTC-00000366
Long, Arch | 0001 | MTC-00017299
Long, Billy | 0001 | MTC-00029146
Long, Eugene | 0001 | MTC-00021944
Long, Justin | 0001 | MTC-00010291
Long, Kennyth | 0001 | MTC-00012177
Long, Mike | 0001 | MTC-00016239
Long, Nancy | 0001 | MTC-00029322
Longthorne, John | 0001 | MTC-00010817
Longworthy, Henry and Eleanor | 0001 | MTC-00030859
Looke, David | 0004 | MTC-00004024
Loomer, Greg | 0001 | MTC-00008139
Lopez, David | 0002 | MTC-00033042
Lopez-Centellas, Alina | 0003 | MTC-00029747
Loptien, Donald | 0001 | MTC-00028941
Lord, David | 0001 | MTC-00012443
Lord, David | 0001 | MTC-00020482
Lord, Laurie | 0002 | MTC-00032196
Lorenz, A | 0001 | MTC-00032806
Lorenz, Clyde | 0001 | MTC-00022120
Lorkin, Jane | 0001 | MTC-00005701
Losada, George | 0001 | MTC-00014015
Lott, Rick | 0001 | MTC-00024577
Lotter, Johan | 0002 | MTC-00025967
Loudin, William | 0001 | MTC-00022934
Louis, Dieter | 0001 | MTC-00005872
Loumak@ aol.com | 0001 | MTC-00007924
Lounsberry, David | 0001 | MTC-00016698
Love, Donald | 0001 | MTC-00021557
Lovell, Charles B. | 0001 | MTC-00013888
Loven, Rosemary | 0001 | MTC-00027491
Lovern, Carolyn | 0001 | MTC-00033121
Lovett, Chris | 0001 | MTC-00011085
Lowder, Josef | 0002 | MTC-00009212
Lowe, George | 0001 | MTC-00021768
Lowenberg, Colin | 0001 | MTC-00010785
Loweth, Christian | 0001 | MTC-00000280
Lowne, Duncan | 0001 | MTC-00016369
Lowry, Kathy | 0001 | MTC-00020536
Lowry, Kathy | 0001 | MTC-00020541
Lowther, Deanna | 0001 | MTC-00021096
Loyd, Creola | 0001 | MTC-00006155
Lozer, Dan | 0001 | MTC-00013162
Lpoezs, R. | 0001 | MTC-00012410
lsca@ mindspring.com | 0001 | MTC-00010933
LSeib14844@ aol.com | 0001 | MTC-00006960
LSUangel56@ aol.com | 0001 | MTC-00028153
lu-su@ clarityconnect.com | 0001 | MTC-00028180
Luabenstein, Ray | 0001 | MTC-00023101
Lubbers, Beverly | 0001 | MTC-00010590
Lublink, Andrea | 0001 | MTC-00021542
Lucas, James | 0001 | MTC-00012179
Lucas, John | 0001 | MTC-00013650
Lucas, Sarha | 0001 | MTC-00021528
Lucey, James | 0001 | MTC-00026555
Luckie, Chris and John | 0001 | MTC-00023752
Ludecke, Paul | 0001 | MTC-00021632
Ludwig, Richard | 0001 | MTC-00029254
Luehrs, Harold | 0001 | MTC-00012950
Luhring, Gwen | 0001 | MTC-00032908
Lundberg, Barbara | 0001 | MTC-00023062
Lundberg, Brian | 0001 | MTC-00023067
Lunkes, John | 0002 | MTC-00033097
Luno, Brock | 0001 | MTC-00006863
Lupher, T. Trigg | 0001 | MTC-00023788
Lupton, Chrisoopher L. | 0001 | MTC-00011234
Lurie-Terrell, Joshua | 0001 | MTC-00000113
Lussow, John W. | 0001 | MTC-00000461
Lutey, Dorothy | 0001 | MTC-00024859
Luther, Edward | 0001 | MTC-00024611
Luther, Tom | 0002 | MTC-00032575
Lutz, Dennis II | 0001 | MTC-00010790
Lyall, Tony | 0001 | MTC-00005038
Lydic, Helen | 0001 | MTC-00025575
Lydic, Helen | 0001 | MTC-00029084
Lyle, Robert | 0001 | MTC-00029554
Lynch, Dan | 0001 | MTC-00023367
Lynch, Jim | 0001 | MTC-00011667
Lynch, Neil | 0004 | MTC-00002077
Lynch, Reagan | 0001 | MTC-00020322
Lyons, Charles | 0001 | MTC-00012424
Ma, Norman K. | 0001 | MTC-00013988
Maberry, Capp | 0001 | MTC-00016688
Mac Lachlan, ALan L. | 0001 | MTC-00006515
Macaluso, Anthony | 0001 | MTC-00011771
MacArthur, Michael | 0002 | MTC-00032460
Macdonald, Glenda | 0001 | MTC-00021793
Macek, Jane | 0001 | MTC-00012631
MacFarland, Jane | 0001 | MTC-00032618
Machado, Frank | 0002 | MTC-00032265
Macias, Ulice | 0001 | MTC-00010018
Mack, Frank | 0001 | MTC-00008753
Mack, John | 0001 | MTC-00012265
Mackelprange, Steve | 0001 | MTC-00008608
Mackey, Davidw | 0001 | MTC-00011852
Mackey, John | 0001 | MTC-00012168
MacLead, Matthew | 0001 | MTC-00007076
MacLeod, Richard | 0001 | MTC-00019680
MacNeil, Mark | 0001 | MTC-00029264
Macon, Roger | 0001 | MTC-00005918
MacVase, Myles | 0001 | MTC-00025675
Macy, Carolyn | 0001 | MTC-00023621
Macy, Carolyn | 0001 | MTC-00023622
Mad | 0001 | MTC-00008116
Maddad, Philip | 0001 | MTC-00010655
Madden, Joseph | 0001 | MTC-00014196
maddog338@ home.com | 0001 | MTC-00016016
Maddox, Don | 0001 | MTC-00026710
Maddy, Paul | 0001 | MTC-00012956
Maddy, Paul | 0001 | MTC-00021160
Madeya, Robert | 0001 | MTC-00023351
Madhavan, S. | 0001 | MTC-00010554
MAdison, Toby R. | 0002 | MTC-00006918
Madrilejo, Nelson | 0001 | MTC-00022872
Madsen, Lavon | 0001 | MTC-00013299
Maduniho@ aol.com | 0001 | MTC-00005601
Maggio, Russell | 0001 | MTC-00014113
Magillanix | 0001 | MTC-00003068
Magliacane, Jane | 0002 | MTC-00033149
Magure, Bonnie | 0001 | MTC-00012075
Mah, Diana | 0002 | MTC-00011218
Mahajan, Lalitha | 0001 | MTC-00011476
Maher, Karl | 0001 | MTC-00014275
Mahle, Brad | 0001 | MTC-00023733
MaHoney, Larry | 0001 | MTC-00011067
Maiale, Anthony | 0001 | MTC-00008699
Mail@ hand-shake.com | 0001 | MTC-00010908
Mailmaster@ Valmarisi.com | 0001 | MTC-00002322
Maino, Sandra | 0001 | MTC-00012022
Maisel, Cecilia | 0002 | MTC-00033198
Majors, Floyd | 0001 | MTC-00032711
Malak, Mary | 0001 | MTC-00020311
Malaska, Lonnie | 0001 | MTC-00008414
Malatesta, Janet E. | 0001 | MTC-00026591
Malen, Patricia | 0001 | MTC-00014190
Maliman, Eloyce C. | 0001 | MTC-00007568
Malivuk, John | 0001 | MTC-00033016
Malloy, J. | 0001 | MTC-00008281
Malloy, J. | 0001 | MTC-00012597
Maloney, Susan | 0002 | MTC-00001167
Malott, Dale | 0001 | MTC-00009364
Malouf, Mitch | 0001 | MTC-00009181
malppert@ bestweb.net | 0001 | MTC-00013808
Mamon, Jun | 0001 | MTC-00011226
Manahan, Lyn | 0001 | MTC-00009694
Manes, Victoria | 0002 | MTC-00032496
Manes, Victoria | 0002 | MTC-00032497
Manga, Anthony | 0001 | MTC-00021760
Mangan, Anthony | 0001 | MTC-00012360
Mangan, Anthony | 0001 | MTC-00028999
Mangum, Roy W. | 0001 | MTC-00007618
Mann, D. | 0001 | MTC-00000793
Mann, Pamela | 0001 | MTC-00028282
Manning, John | 0002 | MTC-00012106
Manning, Scott Elizabeth | 0001 | MTC-00020513
Mannix, Diane | 0001 | MTC-00014349
Mannix, Ralph | 0001 | MTC-00014350
Mantex1@ aol.com | 0001 | MTC-00011319
Mao, Jeff | 0002 | MTC-00025571
Mara, Jerald | 0001 | MTC-00026932
Marchand, Aurelian | 0001 | MTC-00004119
Marchand, Aurelian | 0001 | MTC-00004121
Marcia | 0001 | MTC-00028603
Marckel, Chris | 0001 | MTC-00016637
Marcuse, Steven | 0001 | MTC-00022488
Maric, G. | 0001 | MTC-00012162
marjac@ boone.net | 0001 | MTC-00021460
Mark, Jason | 0001 | MTC-00003471
marklavigne@ pacificcoastline.com | 0001 | MTC-00028679
markow@ execpc.com | 0001 | MTC-00017238
Marks, Terese | 0001 | MTC-00029395
Markus, Christophero | 0001 | MTC-00003280
Marler, Betty | 0001 | MTC-00027523
Marquis, Mary | 0001 | MTC-00012493
Marroquin, Otto | 0001 | MTC-00004284
Marrs, Dave and Cecilia | 0001 | MTC-00021780
Marsh, Felicity | 0001 | MTC-00026005
Marsh, Felicity | 0002 | MTC-00025999
Marsh, Jacquelyn | 0001 | MTC-00023151
Marsh, Jim | 0001 | MTC-00005082
Marsh, Richard S. | 0001 | MTC-00012357
Marsh, Shirley | 0002 | MTC-00033192
Marsh, Shirley | 0002 | MTC-00033193
Marshall | 0001 | MTC-00002579
Marshall, Robert C. | 0001 | MTC-00010303
Marshfield, Bill | 0001 | MTC-00012133
Marske@ ec.rr.com | 0001 | MTC-00028707
MarstonB@ aol.com | 0001 | MTC-00005217
Marten, John | 0001 | MTC-00032738
Marthinsen, Connie | 0001 | MTC-00011744
Martienssen, Carolyn | 0002 | MTC-00030114
Martin, Amarilys | 0001 | MTC-00022145
Martin, Brenda | 0001 | MTC-00032822
Martin, Carl | 0001 | MTC-00020616
Martin, Carolyn | 0001 | MTC-00000012
Martin, Charles and Barbara | 0001 | MTC-00029147
Martin, Charlotte | 0002 | MTC-00023257
Martin, Dennis | 0001 | MTC-00032945
Martin, Douglas | 0001 | MTC-00012303
Martin, Gary and Mary | 0001 | MTC-00013275
Martin, Gary and Mary | 0001 | MTC-00009469
Martin, Gene Mr & Mrs | 0001 | MTC-00009795
Martin, Gilbert | 0001 | MTC-00023214
Martin, Harvey | 0001 | MTC-00021166
Martin, Jean | 0001 | MTC-00013226
Martin, Jean | 0001 | MTC-00023320
Martin, Jean | 0001 | MTC-00010563
Martin, Karen | 0001 | MTC-00029373
Martin, Larry | 0001 | MTC-00023304
Martin, Linda | 0001 | MTC-00023162
Martin, Mark | 0001 | MTC-00016743
Martin, Michael | 0001 | MTC-00027854
Martin, Paul | 0001 | MTC-00000713
Martin, Phil | 0001 | MTC-00033164
Martin, Robert | 0002 | MTC-00032919
Martin, Roland | 0001 | MTC-00027029
Martinez, Retama, Arturo | 0001 | MTC-00000871
Martini, Peter | 0001 | MTC-00020454
Martins, Ilidio | 0001 | MTC-00003115
Martinson, Bernt | 0001 | MTC-00012327
Marvelle, Peggy | 0001 | MTC-00007349
Marvin@ Parsons.net | 0001 | MTC-00021967
Marx, Jocko | 0001 | MTC-00014197
Marx, Ken | 0001 | MTC-00014331
Mary, Carole | 0001 | MTC-00032889
Mary-Paul-Stewart@ berley.com | 0002 | MTC-00028901
Maryasara | 0001 | MTC-00008086
Marzolf, Ross | 0001 | MTC-00032542
Masciovecchio, Philip | 0001 | MTC-00006194
Mason, Charles | 0001 | MTC-00021466
Mason, George | 0002 | MTC-00033078
Mason, Jane | 0001 | MTC-00008520
Mason, William | 0002 | MTC-00033207
Massengill, James | 0001 | MTC-00020559
Masterfield, Nicole | 0001 | MTC-00027134
Masterson, Joni | 0001 | MTC-00033032
Masterson, William | 0002 | MTC-00033006
Mastran, Henry | 0001 | MTC-00029282
Matarnese, Mark | 0001 | MTC-00022565
Mateau, Benjamin | 0001 | MTC-00009693
Mateer, Joanne | 0001 | MTC-00022936
Matern, H.R. | 0001 | MTC-00023865
Matern, Wilhelmina | 0001 | MTC-00027824
Mathew, Jay | 0001 | MTC-00008671
Mathews, Jeffrey | 0001 | MTC-00012326
Mathis, Paul | 0001 | MTC-00020971
Matson, Marvin L. | 0001 | MTC-00022566
Matthews, Kendrick | 0002 | MTC-00032175
Matthews, Rebecca | 0001 | MTC-00004770
Matthews, Shawn E. | 0001 | MTC-00004509
Matthews, William H. | 0001 | MTC-00020488
Matthies, Suzanne | 0001 | MTC-00014838
Matties, Ernest | 0001 | MTC-00011138
Mattingly, William | 0001 | MTC-00009383
Mattox, Ardy | 0001 | MTC-00021447
Mattox, Robert | 0002 | MTC-00033001
Matz, Barbara | 0001 | MTC-00020689
Maughan, Mark | 0001 | MTC-00010039
Maultsby, Peggy and Ken | 0001 | MTC-00027120
mav802@ aol.com | 0001 | MTC-00028194
maweber@ execpc.com | 0001 | MTC-00028641
Maxey, Rex | 0001 | MTC-00011842
Maxwell, George | 0001 | MTC-00023426
Maxwell, John | 0001 | MTC-00020508
Maxwell, Robert | 0002 | MTC-00033276
Maxwell, Seann | 0001 | MTC-00029062
May, Cindy | 0001 | MTC-00024405
Maybaum, Frank | 0001 | MTC-00013665
Mayer, Cathy | 0001 | MTC-00012630
Mayer, Nancy Z. | 0001 | MTC-00012339
Mayes-Petty, Betty | 0002 | MTC-00032354
Mayfield, Joe E. | 0001 | MTC-00005905
Mayhall, Douglas | 0001 | MTC-00012962
Mayher, Frank | 0001 | MTC-00021213
Maynard, Carol | 0001 | MTC-00013243
Maynard, Robert | 0001 | MTC-00013041
Maynard, Ted | 0001 | MTC-00019945
Maynor, George | 0001 | MTC-00011166
Mayse, Franklin | 0001 | MTC-00033013
Mayzel, Vlad | 0001 | MTC-00007827
Mazlish, Edward | 0001 | MTC-00023506
Mc Greedy, John | 0002 | MTC-00020186
McAllister, Kristin | 0001 | MTC-00021536
McAtee, Mike | 0001 | MTC-00005198
McAuliffe, Janet | 0001 | MTC-00027183
McAvery, Patrick | 0001 | MTC-00003494
McBrayer, Thomas E. | 0001 | MTC-00012686
Mcbride, Jed | 0001 | MTC-00019618
McCabe, Eleanor | 0001 | MTC-00009276
McCandless, Richard | 0001 | MTC-00020767
McCant-Dickey, LaDonna | 0001 | MTC-00026282
McCarter, Bonnie | 0001 | MTC-00019903
McCarthy, Brendan | 0001 | MTC-00018065
McCarthy, Tim | 0001 | MTC-00007608
McCarty, Fred B. | 0001 | MTC-00007807
McCarty, Scott | 0003 | MTC-00027586
McCasland, Kristopher | 0001 | MTC-00032780
McCauley, Bill | 0001 | MTC-00010189
McCauley, Jeri-Ann | 0001 | MTC-00027033
McClain, Vonda | 0001 | MTC-00012952
McClamma, Marty | 0001 | MTC-00011261
McClanahan, Edward | 0001 | MTC-00026337
McClarty, Don | 0001 | MTC-00001038
McClelland, Mike | 0001 | MTC-00018108
McClenning, Gerald | 0001 | MTC-00021885
McClintock, Dave | 0002 | MTC-00005380
McCloskey, Patrick | 0001 | MTC-00013058
McCloskey, Patrick | 0001 | MTC-00014208
McClosky, Patrick | 0001 | MTC-00013052
McCloud, Bob | 0001 | MTC-00023286
McClure, Anne N. | 0001 | MTC-00012343
McClure, Craig | 0001 | MTC-00006335
McClure, George | 0001 | MTC-00010584
McClure, Oren | 0001 | MTC-00021469
McClure, Roy | 0001 | MTC-00025984
McClure, Scott | 0001 | MTC-00022072
Mccollum, Larry | 0001 | MTC-00012448
McCollum, Liz | 0001 | MTC-00011401
McConnell, Mike | 0001 | MTC-00002771
McCorkle, Jack | 0002 | MTC-00033069
McCorkle, Nina | 0001 | MTC-00032909
McCorkle, Sandra | 0001 | MTC-00023960
McCormack, Richard | 0001 | MTC-00032670
McCoy, Bernard | 0001 | MTC-00032791
McCoy, Betty | 0001 | MTC-00032656
McCoy, Kate | 0001 | MTC-00014172
mccpb@ bellsouth.com | 0001 | MTC-00028135
McCroskey, Robert | 0001 | MTC-00026237
McCue | 0001 | MTC-00027145
McCulloch, John | 0001 | MTC-00023540
McCurdy, Cynthia | 0001 | MTC-00025712
McDaniel, Joy | 0001 | MTC-00022715
McDaniel, Leon | 0001 | MTC-00022006
McDaniel, Mike | 0001 | MTC-00005852
McDaniel, Stephen | 0001 | MTC-00029067
McDermed, Lyle | 0001 | MTC-00000592
McDermed, Lyle | 0001 | MTC-00008073
McDermott, Bob | 0002 | MTC-00006324
McDermott, Bob | 0002 | MTC-00010159
McDermott, Bob | 0002 | MTC-00012091
McDermott, Bob | 0002 | MTC-00014400
McDermott, John | 0001 | MTC-00019483
McDermott, William | 0001 | MTC-00023595
McDevitt, Brian | 0001 | MTC-00009100
mcdevo3@ aol.com | 0001 | MTC-00033811
McDonald, Charles | 0001 | MTC-00007313
McDonald, Dennis | 0001 | MTC-00012660
McDonald, Frank | 0001 | MTC-00006869
McDonald, Henry | 0001 | MTC-00006971
McDonald, Henry | 0001 | MTC-00005331
McDonald, Jim | 0002 | MTC-00011371
McDonald, John | 0001 | MTC-00024538
McDonald, John | 0001 | MTC-00009919
McDonald, Louis F. | 0001 | MTC-00012100
McDonald, Stan | 0001 | MTC-00023720
McDonough, Sandy | 0001 | MTC-00020507
McDougal, Daren D. | 0001 | MTC-00000348
McDougall, Daniel | 0001 | MTC-00015015
McDuffie, J. Bryan | 0001 | MTC-00032826
McEachern, Marc | 0001 | MTC-00029440
McEachern, Wiliam and Florence | 0001 | MTC-00022326
McElroy, Andrew | 0001 | MTC-00032547
McElroy, Kevin | 0001 | MTC-00012260
McElwee, Gary | 0001 | MTC-00022089
McEnery, Paul J. | 0001 | MTC-00014218
McEntire, Christina | 0002 | MTC-00032282
McFadden, Ted | 0001 | MTC-00004730
McGarvey, Kenneth | 0001 | MTC-00008818
McGee, Dale | 0001 | MTC-00012391
McGee, Donald | 0001 | MTC-00012280
McGee, John | 0002 | MTC-00033297
McGee, Marjorie | 0002 | MTC-00033294
McGee, Travis | 0001 | MTC-00004299
McGee, Travis | 0001 | MTC-00013309
McGhie, Rosalie | 0001 | MTC-00009675
McGinley, Arthur | 0001 | MTC-00009488
McGlenn, Lynn and John | 0001 | MTC-00032659
MCGPatty@ cs.com | 0001 | MTC-00017232
McGrath, James A. | 0001 | MTC-00011814
McGrath, James E. | 0001 | MTC-00024092
McGraw, Harold | 0001 | MTC-00033027
McGraw, Robert | 0001 | MTC-00017782
McGregor, Hazel | 0001 | MTC-00021540
McGregor, Richard | 0001 | MTC-00005590
McGuire, Bryant P. | 0001 | MTC-00021093
McGuire, Eileen R. | 0001 | MTC-00006937
McGuire, Jon | 0001 | MTC-00020493
McGuire, Thomas P. | 0001 | MTC-00025776
McHargue, Patrick L. | 0001 | MTC-00020344
McHugh, Philip | 0002 | MTC-00033190
McHugh, Regg | 0001 | MTC-00020403
McIlveen, Bill | 0001 | MTC-00012107
McInerny, Ray | 0001 | MTC-00023148
McIntosh, Craig, B. | 0001 | MTC-00013131
McIntosh, John | 0001 | MTC-00008265
McIntosh, Marsha | 0001 | MTC-00011857
McIntosh, Richard | 0001 | MTC-00009173
McIntosh, Tom | 0001 | MTC-00013166
McIntyre, Arthur | 0001 | MTC-00009820
McIntyre, Forrest | 0001 | MTC-00012456
McKay, Bryan | 0001 | MTC-00022016
McKay, Cedar | 0001 | MTC-00019094
McKay, Dave | 0001 | MTC-00008421
McKay, Helen | 0001 | MTC-00026342
McKee, Billie and Don | 0001 | MTC-00008072
McKee, David | 0002 | MTC-00022919
McKee, Don | 0001 | MTC-00008568
McKellar, David | 0001 | MTC-00004921
Mckelvey, Patrick C. | 0001 | MTC-00009291
McKenney, Tera | 0001 | MTC-00023912
McKenzie, Albert R. | 0001 | MTC-00011432
McKenzie, Chris | 0001 | MTC-00019099
McKercher, David | 0001 | MTC-00005244
McKinley, Larry | 0001 | MTC-00021402
McKinley, Sheila | 0001 | MTC-00012923
McKinney, Fred | 0002 | MTC-00011026
McKinney, Jean | 0001 | MTC-00013225
McKinney, Jim | 0001 | MTC-00008285
McKinney, Rosemary | 0001 | MTC-00022485
McLain, John | 0002 | MTC-00033113
McLane, Herbert A. | 0001 | MTC-00002472
McLarty, Donald | 0002 | MTC-00033167
McLauchlin, John and Mary | 0001 | MTC-00011819
McLaughlin, Dolores | 0001 | MTC-00023140
McLaughlin, Scott | 0001 | MTC-00009271
McLaughlin, Vivienne | 0001 | MTC-00027371
Mclay70545@ aol.com | 0001 | MTC-00009531
Mclean, Odis | 0002 | MTC-00032231
McLeanNJ@ aol.com | 0001 | MTC-00007301
McMahan, Lois | 0001 | MTC-00032593
McMains, Gary | 0001 | MTC-00022078
McManus, Sabine | 0001 | MTC-00005715
McMeen, Donald J. | 0001 | MTC-00002504
McMenamin, Peter | 0001 | MTC-00026916
McMillan, Bobby | 0001 | MTC-00020999
McMIllan, Tom | 0001 | MTC-00020842
McMinn, S.D. | 0001 | MTC-00013128
McMullen, Wade | 0001 | MTC-00029522
McNabb, Sara | 0001 | MTC-00023088
McNairy, Scott | 0001 | MTC-00011482
McNally, Sheryl | 0001 | MTC-00023854
McNamara, Jenny | 0001 | MTC-00032794
McNaugher, John | 0001 | MTC-00013235
McNaugher, John | 0001 | MTC-00021455
McNeal, Teri | 0001 | MTC-00020661
McNeil, Harole E. | 0001 | MTC-00009955
McNicholl, Joseph | 0001 | MTC-00014082
McQuain, Okey | 0001 | MTC-00023570
McQuain, Okey | 0001 | MTC-00012028
McQuilkin, Michael | 0002 | MTC-00032193
McQuillen, Angela | 0002 | MTC-00028795
McSwain, John M. | 0001 | MTC-00031392
McTaggart, Ronald | 0001 | MTC-00013669
McVeigh, Andrew | 0001 | MTC-00021219
McVey,Gary | 0001 | MTC-00011829
McWalters, D. M. | 0001 | MTC-00012726
McWilliams, Thomas | 0001 | MTC-00032917
mdigia6203@ aol.com | 0001 | MTC-00000958
Mdigrosso | 0001 | MTC-00001109
Mead, Arnold | 0001 | MTC-00029111
Meaders, Jud | 0001 | MTC-00004912
Mecham, Barbara | 0001 | MTC-00024729
medana@ arkansas.net | 0001 | MTC-00014552
Medea, Andra | 0001 | MTC-00018433
Medin, Jay | 0001 | MTC-00006995
Medley, Chris | 0001 | MTC-00005888
Medrano, Samuel | 0002 | MTC-00008845
Meeder, Lorin | 0002 | MTC-00033202
Meehan, James | 0001 | MTC-00005185
Meeker, Thomas | 0001 | MTC-00012342
Meengaziol, Peter | 0001 | MTC-00024064
mefoley@ in-touch.net | 0001 | MTC-00010373
Megarey, Jayne | 0001 | MTC-00011905
Megow, Frank | 0001 | MTC-00013017
Megow, Frank | 0001 | MTC-00009497
Mehan, Robert E. | 0002 | MTC-00008242
mehbud@ yahoo.com | 0001 | MTC-00016024
Mehring, Michael A. | 0001 | MTC-00007611
Meier, Tony | 0001 | MTC-00005575
Meighan, Joseph | 0001 | MTC-00014194
Meigs, William | 0002 | MTC-00033210
Meinert, Herman | 0001 | MTC-00022909
Meintjes, John A. | 0001 | MTC-00011918
Mel | 0001 | MTC-00018456
Meland, Mark P. | 0001 | MTC-00004267
Melanson, Dave | 0001 | MTC-00021110
Melanson, Orman | 0001 | MTC-00023043
Melick, Keith | 0001 | MTC-00000343
Melin, Jeffrey | 0001 | MTC-00008439
Mellinger, Carol | 0001 | MTC-00023200
Melton, Dawn | 0001 | MTC-00024594
Melton, Gladys Joyce | 0001 | MTC-00012351
Melvin, Barbara | 0001 | MTC-00023285
Melvin, Dave | 0001 | MTC-00010776
Mena, Edson | 0002 | MTC-00014602
Mena, Edward | 0002 | MTC-00014636
Menard, Elizabeth | 0001 | MTC-00011543
Menderhall, C. | 0001 | MTC-00011906
Mendes, Richard | 0001 | MTC-00029250
Mendiola, Martin | 0002 | MTC-00029743
Menner, Bill | 0005 | MTC-00023549
Menold, Joshua | 0001 | MTC-00032633
Mera, Andres | 0001 | MTC-00004254
Mercer, Julie | 0001 | MTC-00021334
Meredith, Dale | 0001 | MTC-00025150
Merges, Palmarin | 0001 | MTC-00013025
Merkle, Robert | 0002 | MTC-00033071
Merrell, Jill | 0002 | MTC-00032277
Merrick, Carl | 0001 | MTC-00012571
Merrick, Michael | 0001 | MTC-00025644
Merrill, Bonnie H. | 0001 | MTC-00012939
Merriman, David M. | 0001 | MTC-00013942
Mertz, Thomas R. | 0001 | MTC-00013337
Mes, Dion | 0001 | MTC-00014929
Meshkin, Lawrence D. | 0001 | MTC-00026137
Meshkin, Marie H. | 0001 | MTC-00026139
Meskimen, John C. | 0001 | MTC-00006613
Meskimen, John C. | 0001 | MTC-00012512
Messina, Kathlyn | 0001 | MTC-00028035
Messina, Kathlyn | 0001 | MTC-00028037
Messmedia@ loop.com | 0001 | MTC-00008654
Messmer, Chris E. | 0001 | MTC-00002526
Mesz, Margaret | 0001 | MTC-00014291
Metters, Bobbie J. | 0001 | MTC-00011642
Mettler, Donal | 0001 | MTC-00020232
Metz, T. Aaron | 0001 | MTC-00009945
Metzer, Scott | 0001 | MTC-00019385
Mewborn, G. | 0001 | MTC-00009283
Meyer, David | 0001 | MTC-00001386
Meyer, Fred | 0001 | MTC-00006830
Meyer, Margaret | 0002 | MTC-00033177
Meyer, Norman | 0001 | MTC-00007464
Meyer, Richard G. | 0001 | MTC-00012444
Meyer, Steve | 0001 | MTC-00024505
Meyer, William | 0001 | MTC-00019614
Meyers, William | 0001 | MTC-00023372
Meyes, Rich | 0001 | MTC-00009204
Mezori, George | 0001 | MTC-00009359
mgiblin@ prudentmutual.com | 0001 | MTC-00009224
Mgostovich@ triumphtx.org | 0001 | MTC-00024801
MICGOETZ@ cs.com | 0001 | MTC-00006440
Michael, Ted | 0001 | MTC-00008064
michael.little@ worldnet.att.net | 0001 | MTC-00024784
Michaelis, Rod | 0001 | MTC-00028146
michaelouise2@ aol.com | 0001 | MTC-00011320
Michaels, Phyllis | 0001 | MTC-00003365
Michel, Cody | 0001 | MTC-00013576
Micka, Linda | 0001 | MTC-00022729
Mickelson, William N. | 0001 | MTC-00009636
Micnchin, Tom | 0001 | MTC-00024878
Microsoft Settlement | 0001 | MTC-00025207
Middlebrooks, Charles | 0001 | MTC-00024496
Middleton, Edward | 0001 | MTC-00009319
Middleton, Edward Kirk | 0001 | MTC-00012283
Miedlar, Mark | 0002 | MTC-00032335
Miejera@ aol.com | 0001 | MTC-00008067
Mieres, Victor | 0001 | MTC-00027968
Miers, Kelly | 0001 | MTC-00024561
Mieth, Wayne | 0001 | MTC-00011832
Miglino, Bill | 0002 | MTC-00010235
Mignini, Thomas | 0002 | MTC-00033131
Mihopulos, Rebecca | 0001 | MTC-00021759
Mikesuda@ gtw.net | 0001 | MTC-00028104
mikeyhsd@ cox-internet.com | 0001 | MTC-00020800
Mikki | 0001 | MTC-00004127
Mikowski, Michael S. | 0004 | MTC-00010284
Mikulski, William | 0001 | MTC-00025841
Miles, Carl | 0001 | MTC-00004947
Miles, Jim and Loretta | 0001 | MTC-00023155
MIles, Margie | 0001 | MTC-00020697
Miline, Scott | 0001 | MTC-00005879
Milke, Howard | 0002 | MTC-00033099
Millage, Angela | 0001 | MTC-00025997
Millar, Mitch | 0001 | MTC-00008254
MIllard, Doug | 0001 | MTC-00020208
Miller, Adam | 0001 | MTC-00020787
Miller, Billy | 0001 | MTC-00028886
Miller, Bryan | 0001 | MTC-00022939
Miller, Carlton | 0002 | MTC-00032447
Miller, Carlton D. | 0002 | MTC-00032194
Miller, David G. | 0001 | MTC-00010665
Miller, Dennis | 0001 | MTC-00008327
Miller, Donal | 0001 | MTC-00023193
Miller, Donna | 0001 | MTC-00026721
Miller, Duane | 0001 | MTC-00012522
Miller, Dwight | 0001 | MTC-00021772
Miller, Edward | 0001 | MTC-00021878
Miller, Eric | 0001 | MTC-00019822
Miller, Frederick | 0002 | MTC-00033171
Miller, Geoff | 0001 | MTC-00023014
Miller, Harry | 0001 | MTC-00021202
Miller, John | 0001 | MTC-00022928
Miller, Keith | 0001 | MTC-00021742
Miller, Ken | 0001 | MTC-00013209
Miller, Ken and Jan | 0001 | MTC-00023033
Miller, Paul | 0001 | MTC-00022771
Miller, Philip | 0002 | MTC-00033065
Miller, Ramona | 0001 | MTC-00020308
Miller, Ray | 0001 | MTC-00025973
Miller, Richard H. | 0002 | MTC-00008162
Miller, Robert C. | 0001 | MTC-00019444
Miller, Sharon K. | 0001 | MTC-00022833
Miller, Sidney | 0002 | MTC-00033246
Miller, Warren | 0001 | MTC-00012451
Miller, William | 0001 | MTC-00013290
Miller3174@ aol.com | 0001 | MTC-00007571
Millicam, Rebecca | 0001 | MTC-00020473
Milligan, Jerry | 0001 | MTC-00013515
Milligan, Sheila | 0001 | MTC-00005980
Milliner, Ron | 0001 | MTC-00015963
Million, Darrell | 0001 | MTC-00022782
Mills, Carol | 0001 | MTC-00020130
Mills, Kathryn | 0001 | MTC-00012139
Mills, Mike | 0001 | MTC-00003366
Mills, Pierce | 0001 | MTC-00012217
Millward, Ruth | 0001 | MTC-00024942
Milman, Alex | 0001 | MTC-00005870
Miltner, Tina | 0001 | MTC-00011874
Minar, Gary | 0001 | MTC-00007985
Minardi, Cynthia | 0001 | MTC-00013245
Minnoe, E. Lois | 0001 | MTC-00026370
Minnoe, Robert | 0001 | MTC-00032935
Mintz, Leon | 0001 | MTC-00005009
Miragliotta, Vito | 0001 | MTC-00023278
Mirvish, Anthony | 0002 | MTC-00026989
missal01@ aol.com | 0001 | MTC-00024797
Missiroli, Marcello | 0001 | MTC-00021821
Mistura, John | 0001 | MTC-00013064
Mitchell Jr., William | 0001 | MTC-00004078
Mitchell, ALan | 0002 | MTC-00003627
Mitchell, Beatrice | 0001 | MTC-00023247
Mitchell, Bill | 0001 | MTC-00031206
Mitchell, Jeff | 0001 | MTC-00020081
Mitchell, Laurie J. | 0001 | MTC-00029975
Mitchell, Michael | 0001 | MTC-00018865
Mitchell, Paul and Germaine | 0001 | MTC-00004264
Mitchell, Robert | 0001 | MTC-00006823
Mitchell, Rodney | 0001 | MTC-00028863
Mitchell, Ronald A. | 0001 | MTC-00000501
Mitchell, Vance | 0002 | MTC-00033232
Mitchen, ALexander | 0002 | MTC-00010542
Mitonam, Ann | 0001 | MTC-00011751
Mittelman, Robert H. | 0002 | MTC-00002763
Mizner, Alfred | 0001 | MTC-00008250
MLV240z@ aol.com | 0001 | MTC-00008059
MMorias@ aol.com | 0001 | MTC-00010803
Moats, Richard | 0002 | MTC-00032687
Mock, Makinzi | 0001 | MTC-00010030
Mockett, Robin | 0001 | MTC-00008590
Modell, Matt | 0001 | MTC-00012520
Modernbingo | 0001 | MTC-00022805
Modesty, Geri | 0001 | MTC-00023657
Modrell, Geri and Bob | 0001 | MTC-00032562
Moe, Marge | 0001 | MTC-00012068
Moeller, Robert | 0001 | MTC-00032775
Moeller, Robert | 0001 | MTC-00009403
Moerke, Joan | 0001 | MTC-00021365
Moffitt, Garret J | 0001 | MTC-00017439
Mofidi, Kaveh | 0001 | MTC-00032362
Mohnkern, Kathy | 0001 | MTC-00010073
Molinari, Nichoals S. | 0002 | MTC-00006593
molituo@ aol.com | 0002 | MTC-00025496
Molpus, Richard | 0006 | MTC-00019910
Monaco, Vincent | 0001 | MTC-00014832
Monahan, David | 0001 | MTC-00020526
Moneta, Mace | 0001 | MTC-00014935
monette@ freeway.net | 0001 | MTC-00028602
Monley, Rita and Richard | 0001 | MTC-00011229
Monroe, Charles | 0001 | MTC-00020925
Monroe, Clay | 0001 | MTC-00004785
Monsees, James | 0001 | MTC-00028882
Montefrio, Arnie | 0001 | MTC-00011225
Montefrio, Justin | 0002 | MTC-00011221
Monteith, Barbara | 0001 | MTC-00023103
Montez, Jerome | 0001 | MTC-00007635
Montgomery, Bill | 0001 | MTC-00003376
Montgomery, R.G. | 0001 | MTC-00009410
Montgomery, Robert | 0001 | MTC-00011867
Montgomery, Robert | 0001 | MTC-00013662
Montgomery, Robert | 0002 | MTC-00033217
Montgomery< sue | 0001 | MTC-00003270
Montrose, Marianne | 0001 | MTC-00012114
Montross, Dale | 0001 | MTC-00013654
Montz, Lori | 0006 | MTC-00004588
Moody, Bryan | 0001 | MTC-00024842
Moon, Luther | 0003 | MTC-00014411
Moon, Peter | 0002 | MTC-00032288
Moon, Phil | 0001 | MTC-00024118
Moone, Jane | 0002 | MTC-00032146
Moore, Allison | 0002 | MTC-00033095
Moore, Chip | 0001 | MTC-00022013
Moore, Dave | 0001 | MTC-00014204
Moore, George B. | 0001 | MTC-00006219
Moore, Glen | 0001 | MTC-00023731
Moore, John | 0001 | MTC-00012182
Moore, Kenneth E. | 0001 | MTC-00024438
Moore, LaDon | 0001 | MTC-00023842
Moore, Lisa | 0001 | MTC-00010995
Moore, Michael | 0001 | MTC-00012231
Moore, Michael | 0001 | MTC-00011917
Moore, Rick | 0001 | MTC-00032788
Moore, Robert | 0001 | MTC-00032796
Moore, Steve | 0001 | MTC-00011046
Moore, Terrence | 0001 | MTC-00012254
Moore, Velma | 0001 | MTC-00009482
Moore, William R. | 0001 | MTC-00005075
Moorman, Margaret | 0001 | MTC-00023470
Moorman, Margaret | 0001 | MTC-00032677
Moors, Norman | 0001 | MTC-00012966
Moraff, Donna | 0001 | MTC-00014109
Morales | 0001 | MTC-00007749
Morales, Frank | 0001 | MTC-00021527
Morales, Javier | 0001 | MTC-00013594
Morales, Sarah | 0001 | MTC-00012350
Moran, Brenda A. | 0002 | MTC-00033072
Moran, Phyllis | 0001 | MTC-00022293
Moran, Richard | 0001 | MTC-00021337
Moreno, Walt | 0001 | MTC-00033046
Moretti, Frank | 0001 | MTC-00033019
Morgan, Bill and Sue | 0001 | MTC-00029014
Morgan, H. Jack | 0001 | MTC-00009995
Morgan, James | 0001 | MTC-00021068
Morgan, Kerry | 0001 | MTC-00021545
Morgan, Leona | 0002 | MTC-00033059
Morgan, Richard | 0001 | MTC-00008807
Morgan, Scott | 0001 | MTC-00015036
Morgan, Sue and Bill | 0001 | MTC-00021932
Morgwyn@ willmar.com | 0001 | MTC-00010859
moriarty, Don | 0001 | MTC-00025478
Morin, Edward G. | 0002 | MTC-00032165
Morin, Mary | 0002 | MTC-00033047
Morneau, Gregory | 0001 | MTC-00012355
Morningstar, Denise | 0001 | MTC-00022408
Morphonios, Jake | 0001 | MTC-00026854
Morrell, Carol | 0001 | MTC-00028014
Morrell, Carol | 0001 | MTC-00028015
Morrin, Priscilla H. | 0001 | MTC-00026704
Morris, Clay | 0002 | MTC-00031154
Morris, James | 0001 | MTC-00019948
Morris, Keith A. | 0001 | MTC-00020305
Morris, Mary | 0001 | MTC-00033594
Morris, Perry | 0001 | MTC-00011245
Morrisey, Thomas | 0001 | MTC-00014182
Morrison, Gerald | 0001 | MTC-00012490
Morrison, John | 0001 | MTC-00012639
Morrow, Bill | 0001 | MTC-00020993
Morrow, John and Jean | 0001 | MTC-00012369
Morrow, John and Jean Anne | 0001 | MTC-00020982
Morss, Charlie | 0001 | MTC-00000137
Morss, James | 0001 | MTC-00008087
Mortensen, John and Dorothy | 0001 | MTC-00022356
Mortenson, Marvin | 0001 | MTC-00005826
Mortgagelender@ att.net | 0001 | MTC-00006328
Morton, Karyn | 0001 | MTC-00021620
Morton, Karyn | 0001 | MTC-00032001
Morton, Mark | 0001 | MTC-00002714
Moseley, Mary | 0001 | MTC-00025942
Moses, Mike | 0001 | MTC-00011037
Moses, Richard | 0001 | MTC-00021145
Mosher, Phillip David | 0001 | MTC-00010069
Moss, Richard | 0001 | MTC-00032901
Moss, Robert | 0001 | MTC-00023716
mossafer@ 02.net | 0001 | MTC-00015991
MOtisi, Rosemary | 0001 | MTC-00028953
MotoFuji, Richard | 0002 | MTC-00013711
Mouassaghi, Eric | 0001 | MTC-00029966
Mouncer, Eugene | 0001 | MTC-00032939
Mountain, Roper | 0001 | MTC-00004300
Mountz, Wade | 0002 | MTC-00032301
Mowrey, James | 0001 | MTC-00020171
Moyano, Matias | 0001 | MTC-00013531
Moyer, Ross | 0001 | MTC-00021364
Mr. Bleakley | 0001 | MTC-00011259
mrdubridge@ hotmail.com | 0001 | MTC-00028615
MSGEE@ aol.com | 0001 | MTC-00007397
MsLillieB@ aol.com | 0001 | MTC-00005965
mstipicevic | 0001 | MTC-00022461
mstrayer@ mw.sisna.com | 0001 | MTC-00010927
Msukamouse@ aol.com | 0001 | MTC-00021960
Msuty, Michael | 0001 | MTC-00025291
Muccianti, Frank | 0002 | MTC-00033140
Muchnick, Stuart | 0001 | MTC-00029704
Muckleroy, John | 0001 | MTC-00010807
Mudge, John T. | 0001 | MTC-00009783
Mueller, Bill | 0001 | MTC-00026299
Mulcahy, Judith | 0001 | MTC-00032597
Mulhall, John | 0001 | MTC-00022905
Mulhall, John | 0002 | MTC-00032402
Mulhern, Anne | 0001 | MTC-00032625
Mulhern, Vin | 0001 | MTC-00032586
Mullan, Roger | 0001 | MTC-00027928
Mullaney, Ed | 0001 | MTC-00003304
Mulligan, Kate | 0001 | MTC-00032824
Mullinger, Ralph | 0001 | MTC-00014430
Mullins, James | 0001 | MTC-00023580
Mumley, Robert | 0001 | MTC-00020924
Mundahl, Patricia | 0001 | MTC-00019457
Mundy, Jim | 0001 | MTC-00026546
Munger, Stan | 0001 | MTC-00000829
Mungle, Steven | 0001 | MTC-00022044
Munsell, Mark G. | 0001 | MTC-00028403
Muoio, Donna | 0001 | MTC-00022230
Murdick, Scott | 0001 | MTC-00003142
Murdock, Rich | 0001 | MTC-00004756
Murphree, Robin | 0001 | MTC-00012645
Murphy, Clayton | 0001 | MTC-00006429
Murphy, D. Landis | 0001 | MTC-00023817
Murphy, D. Laudis | 0001 | MTC-00029479
Murphy, Edward J. | 0001 | MTC-00006979
Murphy, Hillary | 0001 | MTC-00032773
Murphy, James | 0002 | MTC-00032167
Murphy, Janice | 0002 | MTC-00032180
Murphy, John | 0001 | MTC-00023186
Murphy, Kevin | 0001 | MTC-00009223
Murphy, Lila | 0001 | MTC-00012402
Murphy, Mark | 0001 | MTC-00007521
Murphy, Robert | 0001 | MTC-00023820
Murphy, Robert | 0001 | MTC-00033339
Murphy, Tricia | 0001 | MTC-00023822
Murphy, Tricia | 0001 | MTC-00033340
Murpy, D. Landis | 0001 | MTC-00033338
Murray, Frank | 0001 | MTC-00012230
Murray, Gleen | 0001 | MTC-00032869
Murray, Judith | 0001 | MTC-00032584
Murrell, Charles | 0001 | MTC-00010597
Musacchio, Rose | 0001 | MTC-00028346
Muse, Jeff | 0002 | MTC-00004917
Musselwhite, Jason | 0001 | MTC-00014435
Muth, Harlan | 0001 | MTC-00020240
mutka—ron@ msn.com | 0001 | MTC-00028241
Muxlow, Jason | 0001 | MTC-00013869
Muzyka, Kie | 0001 | MTC-00000261
Muzzolillo, Jared | 0001 | MTC-00033058
MWC | 0001 | MTC-00010491
Myer, Gerald | 0001 | MTC-00021734
Myers, Adam | 0001 | MTC-00025807
Myers, Chad | 0001 | MTC-00011039
Myers, Richard | 0001 | MTC-00020681
Myles, John | 0001 | MTC-00005327
Mylorie, Vance | 0001 | MTC-00001101
Naber, Jeff | 0001 | MTC-00010783
Naccarato, JOe | 0001 | MTC-00019411
Nading, David | 0001 | MTC-00020662
Naecker, Bond | 0001 | MTC-00014484
Naecker, Jean | 0001 | MTC-00014483
Naegle, Brad | 0001 | MTC-00011767
Nakai, John | 0003 | MTC-00002711
Nakai, John | 0004 | MTC-00013700
Nakashian, Richard | 0002 | MTC-00033159
Nalbone, Frank | 0001 | MTC-00007300
Nall, Shirley | 0001 | MTC-00026509
Name Unreadable | 0001 | MTC-00030240
Nancy, Nancy | 0001 | MTC-00021123
Nano, Nunzio | 0001 | MTC-00020456
Naples, Richard | 0002 | MTC-00033130
Nasir, Robert | 0001 | MTC-00020888
Nason, Kirk | 0002 | MTC-00009168
Natale, Ronald | 0001 | MTC-00021997
Nathanson, David | 0001 | MTC-00023785
Nationgate@ aol.com | 0001 | MTC-00008448
Nau, William | 0002 | MTC-00019535
Nault, James | 0001 | MTC-00020301
Nave, Dorothy | 0001 | MTC-00012682
ncla@ att.net | 0001 | MTC-00028130
Neabitt, Franklin | 0001 | MTC-00012306
Neault, Andy | 0001 | MTC-00032974
Neblett, Carroll | 0001 | MTC-00012370
Nedgam@ aol.com | 0001 | MTC-00000867
Needham, James P. | 0001 | MTC-00007788
Needham, James P. | 0001 | MTC-00011537
Neff, Al | 0001 | MTC-00010338
Neighbors, Todd | 0001 | MTC-00011174
Neiman, Hal | 0002 | MTC-00033074
Nell, Bud | 0001 | MTC-00005631
Nelsen, Dale | 0001 | MTC-00026049
Nelson, Anthony A. | 0001 | MTC-00009111
Nelson, Billie | 0001 | MTC-00023798
Nelson, Bret | 0002 | MTC-00009928
Nelson, Brian | 0001 | MTC-00013995
Nelson, Christina | 0001 | MTC-00003344
Nelson, Dave | 0001 | MTC-00004335
Nelson, Jeremy J. | 0002 | MTC-00021547
Nelson, Jerrald | 0001 | MTC-00006401
Nelson, Ken | 0001 | MTC-00007887
Nelson, Marsha | 0001 | MTC-00012990
Nelson, Perri | 0001 | MTC-00022311
Nelson, Robert | 0002 | MTC-00032507
Nelson, Robert | 0002 | MTC-00033320
Nelson, Robert | 0001 | MTC-00007468
Nelson, S. Kenneth | 0001 | MTC-00022380
Neman, Mike | 0001 | MTC-00019206
Nendick, Paul | 0002 | MTC-00010256
Nerli, Virgil | 0001 | MTC-00006743
Nervik, Dean | 0002 | MTC-00032911
Nesbitt, William | 0002 | MTC-00033034
Ness, Milo | 0001 | MTC-00013451
Neu, Dave | 0001 | MTC-00033393
Neudorff, Emilia | 0001 | MTC-00025327
Neudorff, Emilia | 0001 | MTC-00011749
Neufeld, Lowell | 0001 | MTC-00012712
Neus, Elizabeth | 0001 | MTC-00021389
Neville, Anthony | 0001 | MTC-00003433
Nevis, Frank | 0001 | MTC-00003496
Newbound, Rodney | 0001 | MTC-00032960
Newell, Brad | 0001 | MTC-00006634
Newell, Peter R. | 0001 | MTC-00011001
Newlon, Eric | 0001 | MTC-00000762
Newton, Ronald | 0001 | MTC-00033122
Ng, Addie | 0001 | MTC-00012469
Nguyen, Luckinh | 0002 | MTC-00009034
nhbrown@ mediaone.net | 0001 | MTC-00024290
Niccolls, Ray | 0001 | MTC-00003427
Nice, Diane | 0001 | MTC-00011720
Nicholas, Gretchen | 0001 | MTC-00013666
Nicholas, Ray W. | 0001 | MTC-00027013
Nichols, Dale | 0002 | MTC-00006006
Nichols, Dayna | 0001 | MTC-00008464
Nicholson, Joseph | 0003 | MTC-00004958
Nicholson, Kenneth | 0001 | MTC-00000854
Nickerson, Norval | 0002 | MTC-00033195
Nicksay, David | 0001 | MTC-00024856
Nicoll, Lyman | 0001 | MTC-00022956
Nielsen, Mark | 0001 | MTC-00009782
Nielson,Mark | 0001 | MTC-00032454
Niemi, Matt | 0001 | MTC-00032646
Nieukirk, Jim | 0001 | MTC-00011904
Niewiek, David | 0001 | MTC-00007204
Nigro, Richard | 0001 | MTC-00012329
Nikkil, Iri | 0001 | MTC-00023150
Nilan, Jon | 0001 | MTC-00000311
Nimetz, Aaron | 0001 | MTC-00027473
Nimir, Andy | 0001 | MTC-00005161
Niner, J | 0001 | MTC-00024701
Nipp, R. C. | 0001 | MTC-00006121
nirgal27@ yahoo.com | 0001 | MTC-00028109
Nix, James H. | 0001 | MTC-00024378
njaggold@ yahoo.com | 0001 | MTC-00015990
No Name | 0001 | MTC-00003350
No Name | 0002 | MTC-00031320
No-Name | 0001 | MTC-00003323
Nocon, Rizaldi | 0001 | MTC-00019405
Nolan, Dan | 0002 | MTC-00004707
Nolan, Patrick | 0001 | MTC-00018994
Noll, Julie | 0001 | MTC-00011246
Noll, Paul | 0001 | MTC-00005153
Noll, Wayne | 0001 | MTC-00012288
Noob, Bob | 0001 | MTC-00014964
Noonan, David | 0001 | MTC-00014930
Noonan, Jean | 0002 | MTC-00033223
Noonan, Robert | 0002 | MTC-00033220
Nooney, Ross | 0001 | MTC-00009397
Noonkester, Jay | 0001 | MTC-00013883
Norbury, Chris | 0002 | MTC-00033118
Norby, Eugene | 0001 | MTC-00013022
Nordeen, Lynn | 0001 | MTC-00023565
Norden, David | 0001 | MTC-00013239
Nordin, Eric | 0001 | MTC-00008988
Nordlund, James | 0002 | MTC-00032344
Nordlund, James M. | 0002 | MTC-00032874
Nordstrom, Gladstone | 0001 | MTC-00021371
Norfleet, Bailey | 0001 | MTC-00026144
Norgard, Michael | 0001 | MTC-00007337
Norm | 0001 | MTC-00009401
Norman, Betty | 0001 | MTC-00024479
Norquist, Grover G. | 0003 | MTC-00009246
Norris, John | 0001 | MTC-00014414
Norris, Russ | 0001 | MTC-00007585
Norris, Virginia M. | 0001 | MTC-00005162
NORSKPOLE@ aol.com | 0001 | MTC-00004085
North, Daniel | 0001 | MTC-00020685
North, Ronald. M | 0001 | MTC-00009058
Northup, Carole | 0001 | MTC-00021578
Norton, Dana | 0001 | MTC-00009313
Norton, Menard | 0001 | MTC-00029508
Norton, Randy | 0001 | MTC-00021635
Norton, Randy | 0001 | MTC-00033285
Norton, Thane | 0001 | MTC-00001511
Norton, ty | 0002 | MTC-00014850
Norvell, Douglas | 0001 | MTC-00012672
Notara, Charles | 0001 | MTC-00005871
Novak, Larry | 0001 | MTC-00011786
Novinger, John | 0001 | MTC-00021746
Novosel, Eileen | 0001 | MTC-00020745
Novosel, Eileen | 0001 | MTC-00024011
Nowland, Benoni IV | 0001 | MTC-00010982
Nowland, Ian | 0002 | MTC-00009796
Nowotny, Lan | 0001 | MTC-00021656
NPREWITT | 0001 | MTC-00023134
nsxj@ aol.com | 0001 | MTC-00017221
Nunn, David | 0001 | MTC-00024008
nursejane@ worldnet.att.ent | 0001 | MTC-00017211
nursejane@ worldnet.att.net | 0001 | MTC-00028166
Nussle, Jim | 0002 | MTC-00033063
Nutton, Thomas G. | 0001 | MTC-00028311
Nuzum, Robert | 0002 | MTC-00032528
NY...NY | 0001 | MTC-00011963
Nye, Sexy | 0001 | MTC-00027357
Nymeyer, Marlene | 0001 | MTC-00012452
Nystrom, Stephen | 0001 | MTC-00023334
O'Brien, John | 0001 | MTC-00012206
O'Brien, Michael P,. | 0001 | MTC-00022269
O'Bryan, B. J. | 0001 | MTC-00005816
O'Byrne, William | 0001 | MTC-00033021
O'Connell, Daniel | 0001 | MTC-00023090
O'Conner, Arthur | 0001 | MTC-00000920
O'Connor, Patrick | 0001 | MTC-00029481
O'Daniel, Donna | 0001 | MTC-00013254
O'Dell, John | 0001 | MTC-00027137
O'Flaherty, Dorothy A. | 0001 | MTC-00009241
O'Hara, Joe | 0002 | MTC-00032160
O'Hara, Joseph | 0002 | MTC-00032437
O'Hare, Vincent | 0001 | MTC-00020557
O'Hehir, Kevin | 0002 | MTC-00013552
O'Leary, Jack | 0001 | MTC-00008997
O'Leery, Jack | 0001 | MTC-00014390
O'Leery, Jack | 0001 | MTC-00032393
O'malley, Scott | 0001 | MTC-00024787
O'Neill, John | 0001 | MTC-00012984
O'Neill, John | 0001 | MTC-00024879
O'Neill, Thomas | 0001 | MTC-00020345
O'Reilly, Joanne | 0001 | MTC-00013213
Oakes, David | 0001 | MTC-00005193
Oakley, Bob | 0001 | MTC-00014174
Obenchain, Charles | 0001 | MTC-00021193
Oberkamp, Fred | 0002 | MTC-00008769
Oberly, Joyce | 0001 | MTC-00012223
Obermeyer, Charles | 0001 | MTC-00025576
Obriant, Jerry | 0001 | MTC-00020267
Ochoa, Janice and Frank | 0001 | MTC-00023670
Ochsner, Paul | 0001 | MTC-00021687
Ochsner, Paul | 0001 | MTC-00013077
OCP2332@ aol.com | 0001 | MTC-00007837
Odau, Patricia | 0001 | MTC-00000885
Odenthal, Conrad | 0001 | MTC-00032891
Odiam, Carl | 0001 | MTC-00007715
Odom Jr, Ruben | 0001 | MTC-00003546
Odom, Ruben | 0001 | MTC-00005839
Oehme, Bill | 0001 | MTC-00014161
Oettinger, Carl | 0001 | MTC-00007351
Offer, Paul | 0002 | MTC-00032204
Oflaherty, Michael | 0001 | MTC-00009059
Ogulin, Joseph P. | 0001 | MTC-00012404
Ohl, Michael | 0001 | MTC-00006111
Ohland, Kevin | 0001 | MTC-00030704
Ohlmann, Marylyn | 0001 | MTC-00023906
old3putter@ aol.com | 0001 | MTC-00008148
OlerWhite, Wilma | 0001 | MTC-00022345
olhafner | 0001 | MTC-00021379
Olhaver, Jon | 0001 | MTC-00022493
Oliver, Marla Lewis | 0001 | MTC-00011862
Oliver, Rocky | 0002 | MTC-00033162
Oliver, Shaun | 0001 | MTC-00029492
Oliveri, Mark | 0001 | MTC-00011068
Olivieri, Lia | 0001 | MTC-00012218
Olmsted, Ben | 0001 | MTC-00014202
Olsby, Donald E. | 0001 | MTC-00012067
Olsby, Donald E. | 0001 | MTC-00006754
Olsen, Arne | 0002 | MTC-00033204
Olsen, Greg | 0001 | MTC-00011830
Olsen, Tony K. | 0002 | MTC-00012959
Olson, Brian | 0001 | MTC-00006162
Olson, Cynthia | 0001 | MTC-00011920
Olson, Eric | 0001 | MTC-00014833
Olson, Jane | 0001 | MTC-00011165
Olson, Joseph | 0001 | MTC-00022193
Olson, Lloyd | 0001 | MTC-00001011
Olson, Mark | 0001 | MTC-00006437
Olson, Nicholas | 0001 | MTC-00031340
olssoneric@ hotmail.com | 0001 | MTC-00010935
Olyer, Carol | 0001 | MTC-00029104
Omta, Lela | 0001 | MTC-00012374
Oppel, Glenn | 0001 | MTC-00032132
Orbegoso, Donna | 0001 | MTC-00023557
Orben, W | 0001 | MTC-00032727
Orcutt, James | 0001 | MTC-00032800
Oresky, Darcy | 0001 | MTC-00013501
Organ, Don | 0001 | MTC-00022607
Orlick, Joe | 0002 | MTC-00011845
ormetony@ hotmail.com | 0001 | MTC-00024786
Orn, Jerry | 0001 | MTC-00006938
Orn, Jerry | 0001 | MTC-00003356
Orr, Connie | 0001 | MTC-00020670
Orr, Marvin L. | 0001 | MTC-00012138
Ortner, Anthony | 0001 | MTC-00021172
Orton, Michael | 0001 | MTC-00012272
orum, Karen E. | 0001 | MTC-00007844
Osborn, Jeff | 0001 | MTC-00019549
Osbourne, Mark | 0001 | MTC-00020755
Osgood, Charles | 0001 | MTC-00020980
Osteen, James | 0001 | MTC-00010617
Otoole, sean | 0001 | MTC-00009073
Ott, David | 0002 | MTC-00033064
Ott, Gary D. | 0001 | MTC-00022088
Otte, Andy | 0001 | MTC-00020686
Ottley, Jerold | 0002 | MTC-00032236
Otto, John | 0001 | MTC-00012578
Oubre, John | 0002 | MTC-00032480
Ouellette, Daniel | 0001 | MTC-00001989
Overman, Steve | 0001 | MTC-00014290
Overman, Suzie | 0001 | MTC-00011257
Overton, Alan | 0001 | MTC-00016330
Overwyk, Marinus | 0001 | MTC-00007623
Owen | 0001 | MTC-00023678
Owen, Kenneth | 0001 | MTC-00010505
Owens, David | 0001 | MTC-00009190
Owens, Hubert | 0001 | MTC-00032644
Owens, Robert | 0001 | MTC-00012216
Owens, Shelley | 0001 | MTC-00013030
Owens, Shelley | 0001 | MTC-00020675
Owens, William E. | 0001 | MTC-00025378
Ownbey, Larry | 0001 | MTC-00007843
Ownby, Ray | 0001 | MTC-00022266
ox2LiebesLuder2xo@ hotmail.com | 0001 | MTC-00002455
Oyer, J. | 0001 | MTC-00010516
p.luczka@ ieee.org | 0001 | MTC-00028189
Pace, Doyle | 0001 | MTC-00021372
Pacheco, Peter | 0001 | MTC-00012972
Paciullo, Cyril | 0001 | MTC-00007931
Pacual, Jan Ernest | 0001 | MTC-00011220
Padden, David | 0001 | MTC-00032798
Page, Don | 0001 | MTC-00005200
Page, Ellen | 0001 | MTC-00004342
Page, Peggy | 0001 | MTC-00011581
Page, Randall | 0001 | MTC-00011721
Page, Will | 0001 | MTC-00000010
Palley, Igor and Maria | 0001 | MTC-00032866
Palmer, Allen | 0001 | MTC-00012193
Palmer, Andrea | 0001 | MTC-00011725
Palmer, Charles | 0001 | MTC-00011733
Palmer, Christopher | 0001 | MTC-00017088
Palmer, David | 0001 | MTC-00032557
Palmer, Mark | 0001 | MTC-00009293
Palmer, Thomas | 0001 | MTC-00022773
Palopoli, Mike | 0001 | MTC-00000373
Palumbo, Alice | 0002 | MTC-00033213
Palumbo, Eileen J. | 0001 | MTC-00009072
Paoloemilio, John | 0001 | MTC-00021541
Paoloemilio, John | 0001 | MTC-00009496
Pap, Victor III | 0001 | MTC-00009629
Pap, Victor III | 0001 | MTC-00009628
Papa, James | 0001 | MTC-00025035
Papa, Vincent | 0001 | MTC-00029299
Papageorgiou, Demetris | 0001 | MTC-00011860
Papaleo, Todd | 0002 | MTC-00018964
Pappas, Marc | 0001 | MTC-00031737
Paquette, Art | 0001 | MTC-00001323
Paradela, George | 0001 | MTC-00010042
Paraiso, James | 0001 | MTC-00025783
Paranto, Arlen | 0001 | MTC-00011947
Pardo, Mary | 0002 | MTC-00033152
Parent, Linda | 0001 | MTC-00021917
Parfait, Christine | 0001 | MTC-00013015
Parham, Wally | 0003 | MTC-00001768
Parish, Bill | 0002 | MTC-00002679
Parish, Bill | 0005 | MTC-00004798
Park, Alan | 0001 | MTC-00021694
Park, Russ | 0001 | MTC-00024606
Parker, Betty | 0001 | MTC-00020997
Parker, Billy | 0001 | MTC-00029092
Parker, David | 0001 | MTC-00022490
Parker, James | 0001 | MTC-00023783
Parker, James | 0001 | MTC-00032695
Parker, Larry | 0001 | MTC-00023573
Parker, Michelle | 0001 | MTC-00020721
Parker, Mildred | 0001 | MTC-00022033
Parker, Murray | 0001 | MTC-00012416
Parker, Steve | 0001 | MTC-00026171
Parkes, Ethel | 0001 | MTC-00024835
Parkins, Bill | 0001 | MTC-00014157
Parks, Bruce | 0001 | MTC-00019213
Parks, Louis | 0001 | MTC-00010761
Parrish, Charles M. | 0001 | MTC-00028820
Parrish, Joseph | 0002 | MTC-00032453
Parrott, Charles | 0002 | MTC-00032653
Parry, Sue | 0001 | MTC-00022353
Parsons, Dean | 0001 | MTC-00012003
Parsons, Melissa | 0001 | MTC-00014800
Parsons, Richard | 0001 | MTC-00012498
Parsons, Tom | 0001 | MTC-00012697
pasilst@ aol.com | 0001 | MTC-00014322
Pasky, Joe | 0001 | MTC-00020928
Pastor, Sergio | 0001 | MTC-00021902
Patel, Narenda | 0003 | MTC-00030745
Patel, Thakor G. | 0001 | MTC-00005814
Patricia B. | 0001 | MTC-00022720
Patrick, Faye | 0001 | MTC-00026045
Pats413@ aol.com | 0001 | MTC-00011686
Pats413@ aol.com | 0001 | MTC-00003920
Patterson, Bob | 0001 | MTC-00020718
Patterson, Charles | 0002 | MTC-00033111
Patterson, Joseph | 0001 | MTC-00014014
Patterson, Judy | 0001 | MTC-00020709
Patterson, Kenneth | 0001 | MTC-00013031
Patterson, Michael | 0002 | MTC-00033244
Patterson, Phil E. | 0001 | MTC-00010711
Patterson, S.L. | 0001 | MTC-00011942
Patterson, Stephen | 0001 | MTC-00029143
Pattiz, Jay | 0001 | MTC-00012229
Paul, Ira | 0001 | MTC-00012204
Paul, Ira | 0001 | MTC-00032655
Paul, Michael | 0001 | MTC-00020730
Paul, Richard | 0001 | MTC-00010671
Pauli, Richard | 0001 | MTC-00020212
Paulporn | 0001 | MTC-00032250
Pausch, Jerry | 0002 | MTC-00033311
Pauser, Lee | 0002 | MTC-00002912
Pauwels, William A. Jr. | 0001 | MTC-00012371
Paxton, Gareth | 0002 | MTC-00026642
Payne, Antwan L. | 0001 | MTC-00001042
Payne, Barbara | 0001 | MTC-00027156
Payne, James | 0001 | MTC-00028775
Payne, Jean | 0001 | MTC-00023856
Payne, Jean | 0001 | MTC-00033356
Payne, Maurice | 0001 | MTC-00023309
Payne, Patrick | 0002 | MTC-00033191
Payne, Ronald | 0001 | MTC-00014077
Payne, Ted | 0002 | MTC-00032319
Paynter, Skip | 0001 | MTC-00020315
Payton, Marilyn | 0001 | MTC-00013230
pdnRPH@ worldnet.att.net | 0001 | MTC-00011430
pdp216@ msn.com | 0001 | MTC-00028151
Peace, Barb | 0001 | MTC-00023764
Peace, Louanna | 0001 | MTC-00024539
Pearce, Robert and Dixie | 0001 | MTC-00011890
Pearlson, Renee | 0001 | MTC-00032693
Pearsall, David | 0001 | MTC-00021554
Pearsall, Patti | 0001 | MTC-00021550
Pearson, Elizabeth | 0001 | MTC-00010500
Pearson, Lois | 0001 | MTC-00025681
Pearson, Merle | 0001 | MTC-00013916
Pearson, Victor | 0001 | MTC-00011651
Pearson, William H. | 0001 | MTC-00012029
Peck, Richard | 0001 | MTC-00032913
Pecoraro, Charles S. | 0001 | MTC-00014848
Pederson, Marian | 0001 | MTC-00027604
Pedi, Salvatore | 0001 | MTC-00022316
Pehel, Michael | 0001 | MTC-00032840
Pehl, Jane | 0001 | MTC-00012938
Pehl, Jane | 0001 | MTC-00009528
Pehl, Jane | 0001 | MTC-00010008
Peiffer, Bob | 0002 | MTC-00000462
Peisenger, Roman | 0002 | MTC-00033264
Peker, Gregory | 0001 | MTC-00019000
Pela, Bill | 0001 | MTC-00017607
Pelkey, Kenneth | 0001 | MTC-00012284
Pellegrini, William | 0001 | MTC-00025744
Pelletier, William | 0001 | MTC-00020904
Pellitteri, Joseph | 0001 | MTC-00009089
Pemberton, Joseph | 0001 | MTC-00027984
Pendergrast, James | 0001 | MTC-00024607
Pendle, T.H. | 0001 | MTC-00025285
Pennebaker, Karen | 0001 | MTC-00023688
Pennington, Rosa Mae | 0002 | MTC-00032234
Pennino, Blanche | 0001 | MTC-00012976
Penzo, Vincent | 0001 | MTC-00008747
Peplowski, Eugene | 0001 | MTC-00024921
Peppeansy@ aol.com | 0001 | MTC-00015986
Percival, Phil | 0002 | MTC-00003012
Perdue, Christopher | 0002 | MTC-00032171
Perdue, Christopher | 0002 | MTC-00032517
Perelli, Sam | 0001 | MTC-00028987
Pereverzoff, David | 0001 | MTC-00016513
Perez, Christy | 0001 | MTC-00012261
Perez, Frederick | 0002 | MTC-00014088
Perez, Janet | 0002 | MTC-00029741
Perez, Roberto A. | 0001 | MTC-00008772
Perko, Walt | 0002 | MTC-00010825
Perman, Tim | 0001 | MTC-00028959
Perna, Ralph | 0001 | MTC-00024033
Perrin, Michael | 0002 | MTC-00032915
Perry, Clint | 0001 | MTC-00025215
Perry, Francis M | 0001 | MTC-00011747
Persel, John M. | 0001 | MTC-00023560
Persons, Chuck | 0001 | MTC-00001326
Pervere, Roger | 0001 | MTC-00021763
Pesola, Dallas | 0001 | MTC-00017765
Pesther, Fred | 0001 | MTC-00000476
petec@ aquascience.com | 0001 | MTC-00017264
Peteet, William | 0001 | MTC-00012167
Peter | 0001 | MTC-00015065
Peter357@ aol.com | 0001 | MTC-00008971
Petermann, Alfred | 0001 | MTC-00024323
Peters, John | 0001 | MTC-00004025
Petersen, Judith R. | 0001 | MTC-00005626
Peterson, Charles H. | 0001 | MTC-00005192
Peterson, Howard | 0001 | MTC-00011281
Peterson, James | 0001 | MTC-00006341
Peterson, Joan | 0001 | MTC-00012561
Peterson, Joan | 0001 | MTC-00012562
Peterson, Judith | 0001 | MTC-00032965
Peterson, Julia | 0001 | MTC-00008983
Peterson, Mark | 0001 | MTC-00024063
Peterson, Richard | 0001 | MTC-00021029
Peterson, Roger | 0001 | MTC-00021495
Peterson, Roland | 0001 | MTC-00030851
Peterson, Vicky | 0001 | MTC-00020443
Pethoe, Peter | 0002 | MTC-00023136
Petolollo, Bob | 0001 | MTC-00027845
Petorelli, Marlene | 0001 | MTC-00014837
Petorelli, Rudy | 0001 | MTC-00014836
Petorelli, Rudy | 0001 | MTC-00010939
Petoretti, Rudy | 0002 | MTC-00033073
Petri, John | 0001 | MTC-00014053
Petro, Michael | 0001 | MTC-00021914
Petroci, John J. | 0001 | MTC-00026156
Petrone, Ray | 0001 | MTC-00013971
Pettitt, Raymond | 0001 | MTC-00010261
Pfahnl, Joseph W | 0001 | MTC-00011724
Pfahnl, Joseph W. | 0001 | MTC-00029003
Pfeifer, Kerry | 0001 | MTC-00010035
Pflum, David | 0001 | MTC-00021846
Pgmucci@ aol.com | 0001 | MTC-00008566
Phair, Christopher | 0001 | MTC-00032865
Phelan, Joseph | 0001 | MTC-00022448
Philip, B | 0001 | MTC-00014397
Phillippi, Donald | 0001 | MTC-00010274
Phillips, Carole | 0001 | MTC-00013904
PHillips, Daniel | 0001 | MTC-00027633
Phillips, David | 0002 | MTC-00004764
Phillips, Donald | 0001 | MTC-00032862
Phillips, Glenn | 0001 | MTC-00012108
Phillips, John | 0001 | MTC-00020917
Phillips, Marilyn | 0001 | MTC-00022901
Phjul | 0001 | MTC-00001805
phy@ milwpc.com | 0001 | MTC-00028178
Piatt, Ted | 0001 | MTC-00012160
Piccirillo, Joseph | 0001 | MTC-00032703
Piche, Mike | 0001 | MTC-00012576
Pickens, Andrew | 0002 | MTC-00033089
Pickens, Kim | 0001 | MTC-00024466
Pickers, John | 0001 | MTC-00012901
Pickett, Ed | 0001 | MTC-00032723
Pickett, Jean | 0002 | MTC-00009987
Pickrell, John | 0001 | MTC-00021149
Piel, Brian | 0003 | MTC-00021799
Pierce, Ken | 0001 | MTC-00022374
Pierce, Michael | 0001 | MTC-00021698
Pierdolla, Sallie | 0001 | MTC-00012266
Pierron, Dan | 0001 | MTC-00006390
Pierson, Harry | 0002 | MTC-00032309
Pierson, Harry | 0001 | MTC-00032756
Pigg, Gary | 0001 | MTC-00009725
Pihl, David | 0001 | MTC-00026976
Piliper, Alex | 0001 | MTC-00022082
Pilkington, Charles | 0001 | MTC-00000335
Pillar, Ron | 0001 | MTC-00026539
Pinand, Henry | 0001 | MTC-00022639
Pink, Barbara C. | 0001 | MTC-00012349
Pinkleton, Laretta | 0001 | MTC-00021205
pinsonfamily@ attbi.com | 0001 | MTC-00017255
Piper, Lynn | 0001 | MTC-00012178
Pisani, Albert | 0001 | MTC-00002757
Pitcairn, Kris | 0001 | MTC-00011937
Pitrle, Elbert | 0001 | MTC-00021730
Pizzello, Andrew | 0001 | MTC-00026903
Pizzi, Susan | 0001 | MTC-00009602
Plover, Greg | 0001 | MTC-00014312
Pohlman, David | 0001 | MTC-00019404
Pohlman, Roland | 0002 | MTC-00005806
Pohlman, Roland | 0001 | MTC-00011606
Poindexter, Larry | 0001 | MTC-00000493
Polaski, Jeffrey | 0001 | MTC-00017447
Polcaro, John | 0001 | MTC-00020462
Polcaro, John | 0001 | MTC-00020458
Polisseni, Albert | 0001 | MTC-00003316
Polk, Carl A. | 0001 | MTC-00024410
Pollard, Brian | 0002 | MTC-00033178
Pollard, Lee | 0001 | MTC-00005076
Pollard, Maxine | 0001 | MTC-00028976
Pollat, Clay | 0001 | MTC-00022498
Polliard, Mary | 0002 | MTC-00033194
Polster, Robert | 0001 | MTC-00021111
Polster, Robert | 0001 | MTC-00021113
Polta, David W. | 0001 | MTC-00013975
Polycrates, George | 0001 | MTC-00009430
polymorphic@ geocities.com | 0001 | MTC-00028192
Poncy, Christophe | 0001 | MTC-00006034
Ponto, Judy | 0001 | MTC-00008760
Ponto, Judy | 0001 | MTC-00008761
Pool, J. | 0001 | MTC-00007365
Pool, W.G. Jr. | 0001 | MTC-00022167
Poole, Edward | 0001 | MTC-00011841
Poole, John | 0001 | MTC-00023424
Poolman, Richard | 0001 | MTC-00007835
Popcard@ aol.com | 0001 | MTC-00014462
Pope, Kaye | 0001 | MTC-00013208
Pope, Ralph | 0001 | MTC-00021223
Poppe, Lee | 0001 | MTC-00023487
Porter, Ann | 0001 | MTC-00010048
Porter, Charles | 0009 | MTC-00011639
Porter, Curtis | 0001 | MTC-00009460
Porter, Eric | 0001 | MTC-00000552
Porter, Russell | 0001 | MTC-00032605
Porter, Sidney | 0001 | MTC-00032969
Porterfield, Tomi | 0001 | MTC-00012993
pORTERM@ GTLAW.COM | 0001 | MTC-00009530
Porzio, Mike | 0001 | MTC-00014243
Post, Frank | 0001 | MTC-00012845
Postrozny, Richard | 0001 | MTC-00005180
Potter, Betsey | 0001 | MTC-00013305
Potter, Bob | 0001 | MTC-00011797
Potter, Edwin | 0001 | MTC-00026727
Potter, Jackie | 0001 | MTC-00023673
Potter, Mark | 0001 | MTC-00032582
Potter, Sharyl A. | 0001 | MTC-00010746
Potter, Shuryl A. | 0001 | MTC-00012109
Potter, Teail | 0001 | MTC-00017173
Potter, Ted | 0001 | MTC-00003130
Potter, William | 0001 | MTC-00013306
Potts, Glenna | 0001 | MTC-00012246
Potts, Ted | 0001 | MTC-00025928
Potts, William | 0001 | MTC-00014032
Pouch, Ronald L. | 0001 | MTC-00005884
Poulton, Jim | 0001 | MTC-00009844
Povenmire, Mark | 0001 | MTC-00003958
Powell, Billie | 0001 | MTC-00021789
Powell, Bobby | 0001 | MTC-00013211
Powell, C. Mack | 0001 | MTC-00012282
Powell, J. C. | 0001 | MTC-00006040
Powell, Robert Ingram | 0002 | MTC-00007617
Powenski, Paul | 0001 | MTC-00003455
Power, Jim | 0001 | MTC-00015071
Power, Richard | 0001 | MTC-00005647
Power, Steven | 0001 | MTC-00029248
Powers, Bert | 0001 | MTC-00022459
Powers, Bob | 0001 | MTC-00007774
Powers, G Stuart | 0001 | MTC-00029509
Powers, Jeffrey L. | 0001 | MTC-00009607
Powers, John S. | 0001 | MTC-00003272
Powers, Peggy | 0001 | MTC-00014375
Pranger, Jason | 0001 | MTC-00020629
Prather, David | 0001 | MTC-00006030
Pratt, Don | 0001 | MTC-00003894
Prechel, Sharon | 0001 | MTC-00024038
Prell, Jason | 0001 | MTC-00010792
Pressley, A. | 0001 | MTC-00003972
Preston, Malena | 0001 | MTC-00008289
Pretlow, Robert | 0002 | MTC-00009252
Prettyman, Mike | 0002 | MTC-00025126
Prevots, Claude | 0001 | MTC-00032662
Pribble, Marv | 0001 | MTC-00017390
Price, Alan | 0001 | MTC-00032809
Price, Andrew | 0001 | MTC-00025347
Price, Donna | 0001 | MTC-00032932
Price, Lillie | 0001 | MTC-00012255
Price, Mark | 0001 | MTC-00011461
Price, Paula | 0001 | MTC-00004282
Price, Phyllis | 0001 | MTC-00010581
Price, Richard | 0001 | MTC-00023157
Price, Sandra | 0001 | MTC-00012655
Price, Terry | 0001 | MTC-00009516
Prickett, Robert G. | 0001 | MTC-00028000
Pridavka, Mike | 0001 | MTC-00014031
Priday, H. Leslie | 0001 | MTC-00009905
Pridmore, Larry | 0001 | MTC-00024213
Primeau, Don G. | 0001 | MTC-00029081
Prince, Louis | 0002 | MTC-00033170
Pritchard, Mike | 0001 | MTC-00009231
Pritchard, Mike | 0001 | MTC-00032409
Proch, Greg | 0001 | MTC-00010031
promo@ f1trading.com | 0001 | MTC-00004574
Proud, Jerry | 0001 | MTC-00027168
Proud, Jerry | 0001 | MTC-00014128
Provenzo, Christian | 0001 | MTC-00025922
PROWLON99@ aol.com | 0001 | MTC-00008192
Prugh, Scott | 0001 | MTC-00011087
Pruskin, Marc | 0002 | MTC-00032305
Pruskin, Michelle | 0001 | MTC-00014223
PTemeles@ aol.com | 0001 | MTC-00011077
ptros@ yahoo.com | 0001 | MTC-00017319
Pucci, Bill | 0001 | MTC-00025200
Puckett, James | 0001 | MTC-00033390
Puckett, Loy | 0001 | MTC-00032857
Puenkel, Steve | 0001 | MTC-00026039
Puente, Elizabeth | 0001 | MTC-00020772
Pulaski, Robert | 0001 | MTC-00023576
Pulley, Cecil | 0001 | MTC-00026499
Punter, Emil | 0001 | MTC-00012652
Puntil, Jo | 0001 | MTC-00012446
Punto Info | 0001 | MTC-00007889
Purcell, Art | 0002 | MTC-00030100
Purcell, Jerry | 0001 | MTC-00027843
Purcell, Kelly J. | 0002 | MTC-00032157
Purdum, John | 0001 | MTC-00004213
Purser, Jack | 0001 | MTC-00011498
Purser, Jack, Sr. | 0001 | MTC-00007849
Pusin, Herman | 0002 | MTC-00033245
Put, Raymond L. | 0001 | MTC-00029275
Putnam, John H. | 0001 | MTC-00025424
Putty, Mary D. | 0001 | MTC-00022040
Pybus Jr, Joseph E. | 0001 | MTC-00003996
Pyles, Margaret | 0001 | MTC-00021779
Qaid, Muneer | 0001 | MTC-00010650
qqq@ qqq.net | 0001 | MTC-00011134
QS Enterprises | 0001 | MTC-00029780
Quagliaroli, Conrad | 0001 | MTC-00013180
Quartararo, Denise | 0001 | MTC-00021454
Queen, Paul | 0001 | MTC-00004214
Queen, Skip | 0001 | MTC-00021597
Quen, Dick | 0001 | MTC-00023087
Quevedo, Ben | 0002 | MTC-00029750
Quick, Linda | 0001 | MTC-00004369
Quigley, John | 0001 | MTC-00011069
Quigley, Scott | 0002 | MTC-00005233
Quijada, Francia | 0002 | MTC-00029745
Quincy, Jr | 0001 | MTC-00003502
Quinn, Denis | 0001 | MTC-00033405
Quinn, Dennis | 0001 | MTC-00023934
Quinn, Donald | 0001 | MTC-00032627
Quinn, Stephen | 0001 | MTC-00025142
r.heath@ attbi.com | 0001 | MTC-00027147
ra5thrct@ aol.com | 0001 | MTC-00014310
Rachels, Patrice | 0001 | MTC-00002923
Radcliffe, Richard | 0001 | MTC-00020626
Radebaugh, Bruce | 0001 | MTC-00029132
Radeke, Donald | 0001 | MTC-00012542
Rademacher, Albert | 0002 | MTC-00032227
Radford, Carol | 0001 | MTC-00010169
Radigan, Jessica | 0001 | MTC-00033727
radpt@ hotmail.com | 0001 | MTC-00021966
Radwan, Jon | 0002 | MTC-00002518
Rady, Ben | 0001 | MTC-00004985
Ragaihi, David | 0001 | MTC-00026141
Ragan, Donal | 0001 | MTC-00021170
Ragsdale, Virgil | 0001 | MTC-00021227
Rainbows, Jason | 0002 | MTC-00010144
Rainey, Joanne | 0001 | MTC-00021908
Rains, R.J. | 0001 | MTC-00003367
Rainwater, Neal | 0001 | MTC-00021802
Raitio, Risto | 0002 | MTC-00007842
Rakhshani, Johanna | 0001 | MTC-00023401
Rakifi | 0001 | MTC-00009616
Rally for America | 0001 | MTC-00000297
Ralph | 0001 | MTC-00002581
Ramamurti, Carol E. | 0001 | MTC-00030139
Rambacher, Henry | 0001 | MTC-00032996
Rambacher, Noreen | 0001 | MTC-00032998
Rambacher, Penny | 0002 | MTC-00033002
Ramey, Betty | 0001 | MTC-00032554
Ramirez, E. R. | 0001 | MTC-00020475
Ramirez, Jose | 0001 | MTC-00002831
Ramirez, Ramon | 0001 | MTC-00032827
Ramirez, Ramon P. and Marie L | 0001 | MTC-00028210
Ramirez, Raul | 0001 | MTC-00002109
Rammel, Donald | 0001 | MTC-00012640
Ramos, Romy | 0001 | MTC-00012286
Ramos-Glew, Kevin | 0001 | MTC-00009520
Ramus, Tom | 0001 | MTC-00032971
Randle, Gail | 0001 | MTC-00007229
Randle, Neil | 0001 | MTC-00014257
Randrup, Dorothy G. | 0001 | MTC-00012403
Randy@ alperose.com | 0001 | MTC-00013812
Raney, Meredit | 0001 | MTC-00008462
Raney, Ron | 0001 | MTC-00003507
Raney, Ron | 0001 | MTC-00003508
Raposo, Luis M. | 0001 | MTC-00013102
Rapp, Mark | 0001 | MTC-00011074
Raquel | 0009 | MTC-00003551
Rasband, Linda | 0001 | MTC-00029335
Rashid, A. | 0001 | MTC-00007548
Raskin, Jef | 0002 | MTC-00004821
Rasmussen, Eric | 0001 | MTC-00025388
Rasmussen, Gary | 0001 | MTC-00009341
Rasmussen, Wally | 0001 | MTC-00011810
Rasmussen, Wally | 0001 | MTC-00006952
Rassi, James B. | 0001 | MTC-00029180
Rast, Ella | 0002 | MTC-00032170
Rath, Richard | 0001 | MTC-00033004
Rathkamp, Henry | 0001 | MTC-00006883
Rathlesberger, Howard | 0002 | MTC-00033230
Ratliff, Dora | 0001 | MTC-00029109
Ratliff, Kevin | 0001 | MTC-00015330
Ratto, Mark | 0001 | MTC-00009199
Rauen, Jeffrey | 0001 | MTC-00022650
Raulerson, Steve | 0001 | MTC-00032860
Raun, David | 0001 | MTC-00010121
Rauscher, Grant K. | 0001 | MTC-00011030
raven3001 | 0001 | MTC-00012092
Ravert, Raymond | 0001 | MTC-00010041
Ray, Bettye | 0001 | MTC-00012009
Ray, Jessie | 0001 | MTC-00020790
Ray, Stephen | 0001 | MTC-00023947
Ray, Thurman J | 0001 | MTC-00025442
Ray, Timothy | 0002 | MTC-00032348
ray-dubcak@ tcx.acer.com | 0002 | MTC-00004293
ray@ rcjsoftware.com | 0001 | MTC-00010334
Rayburn, Cy | 0001 | MTC-00012153
raydeschenes@ mpainc.com | 0001 | MTC-00024298
RBeck89373@ aol.com | 0001 | MTC-00010678
rbruner@ ctesc.net | 0001 | MTC-00011309
rbryant1 | 0001 | MTC-00013937
Rbuzz1931@ aol.com | 0001 | MTC-00003951
rdill@ neo.lrun.com | 0001 | MTC-00014316
rdornbos@ aol.com | 0001 | MTC-00024769
Read, Drew D. | 0001 | MTC-00009423
Readen, Elaine | 0001 | MTC-00011884
Reagan, Peggi | 0001 | MTC-00020191
Reagor, Frank | 0001 | MTC-00012302
Reashore, Josh | 0001 | MTC-00024151
Reaves, Darrel | 0001 | MTC-00020784
Rebellon, Cesar | 0001 | MTC-00024492
Recaido, Deo | 0001 | MTC-00010962
Rector, Paul | 0001 | MTC-00021950
redbell@ cox.net | 0001 | MTC-00013825
Reddie, Bill | 0002 | MTC-00033096
rederin | 0001 | MTC-00017022
Redfern, Valda | 0001 | MTC-00008171
Redmond, Sean | 0001 | MTC-00016920
Reed, Ann | 0001 | MTC-00009201
Reed, Btruce | 0002 | MTC-00014028
Reed, Elmer | 0001 | MTC-00022970
Reed, Eric | 0001 | MTC-00027269
Reed, Joe | 0001 | MTC-00027397
Reed, Mark | 0001 | MTC-00016066
Reed, Robert | 0001 | MTC-00032641
Reed, Russell | 0001 | MTC-00022784
reedg@ localnet.com | 0001 | MTC-00014497
Rees, Jan and Dick | 0001 | MTC-00010098
Reese, Clara | 0001 | MTC-00012236
Reese, Susan | 0001 | MTC-00012336
Reg@ elvis.com | 0001 | MTC-00028705
Regets, Nancy Marie | 0001 | MTC-00010485
Reguera, Jose | 0001 | MTC-00000810
Reich, Fred | 0002 | MTC-00032284
Reich, Fred | 0002 | MTC-00032461
Reich, Jason | 0001 | MTC-00020215
Reichard, Margaret | 0002 | MTC-00033199
Reid, Charles | 0001 | MTC-00031343
Reid, Edward W. | 0001 | MTC-00008288
Reid, Elnora | 0001 | MTC-00023225
Reid, Nancy | 0001 | MTC-00006542
Reilly, Bill | 0001 | MTC-00009213
Reilly, Bill | 0001 | MTC-00010376
Reilly, Leo | 0001 | MTC-00021877
Reimer, Catherine | 0002 | MTC-00033104
Reinhardt, Robert | 0001 | MTC-00032992
Reinman, Ray and Helene | 0003 | MTC-00004033
Reinoehl, Barbara | 0001 | MTC-00013922
Reinstadtler, Diane | 0001 | MTC-00020470
Reiser, Anne | 0001 | MTC-00025374
Reisman, Brain M. | 0001 | MTC-00023273
Reizakis, Athena | 0001 | MTC-00011854
Rekdal, Thomas | 0001 | MTC-00032993
Rembe, Harry | 0001 | MTC-00024586
Remington, Robert | 0002 | MTC-00004585
Remington, Robert | 0003 | MTC-00004595
Remington, Robert | 0002 | MTC-00002560
Remington, Robert | 0003 | MTC-00002688
Remington, Robert | 0001 | MTC-00007484
Remington, Robert | 0003 | MTC-00008588
Remington, Robert | 0003 | MTC-00009631
Remshak, Tom | 0002 | MTC-00032340
Render, John | 0003 | MTC-00033392
Reneau, Robert | 0001 | MTC-00021594
Renk, John | 0001 | MTC-00008958
Renshaw, Scott | 0001 | MTC-00014427
renslin@ enslinpc.com | 0001 | MTC-00011297
Rentel, Richard | 0002 | MTC-00033163
Rentner, James | 0001 | MTC-00032668
Restly, Frank | 0002 | MTC-00013588
Retama, Arturo Rafael Martinez | 0001 | MTC-00032257
retraxx@ hotmail.com | 0001 | MTC-00028160
Reuter, Mark | 0001 | MTC-00019941
Reyes, Manuel | 0001 | MTC-00005996
Reylek, Chip | 0001 | MTC-00008806
Reynolds, Andrew P. | 0001 | MTC-00004041
Reynolds, Philip | 0001 | MTC-00023596
Rhodes, Eugene and Ilene | 0001 | MTC-00032956
rhoss1@ wk.net | 0001 | MTC-00013828
Rice, Bill | 0002 | MTC-00008503
Rice, David L. | 0001 | MTC-00008683
Rice, Houston W. | 0001 | MTC-00006753
Rice, Jed | 0002 | MTC-00032813
Ricevuto, Pat | 0001 | MTC-00004240
Ricevuto, Pat | 0001 | MTC-00009835
Rich, Frank M. III | 0001 | MTC-00024519
Richard | 0001 | MTC-00026127
Richard, Helen and Ray | 0001 | MTC-00006473
Richard, Todd | 0001 | MTC-00020788
Richards, Janette | 0001 | MTC-00029510
Richards, Karen | 0001 | MTC-00011861
Richards, Larry | 0001 | MTC-00029507
Richards, Morris | 0001 | MTC-00027776
Richardson, Bill | 0001 | MTC-00008471
Richardson, James | 0001 | MTC-00024205
Richardson, John | 0001 | MTC-00005948
Richardson, MW | 0001 | MTC-00022381
Richburg, Wanda | 0001 | MTC-00022795
Richey, Rufus | 0001 | MTC-00009218
Richey, Rufus | 0001 | MTC-00010503
Richman, Kevin | 0001 | MTC-00012550
Richner, Carol | 0001 | MTC-00008317
Richter, Jeff | 0001 | MTC-00021588
Rick | 0001 | MTC-00011998
Rick | 0001 | MTC-00008261
Rickel, Ted | 0001 | MTC-00005986
Ricketts, Jane | 0001 | MTC-00026735
Ricks, John | 0001 | MTC-00022347
Ricks, Robert | 0001 | MTC-00021049
Ridder, Marie | 0001 | MTC-00020615
Riddle, Marilyn | 0001 | MTC-00027407
Riddle, Sharon | 0002 | MTC-00033133
Riddle, Steve | 0001 | MTC-00029035
Ridge, Betty | 0001 | MTC-00027648
Ridley, Kay | 0001 | MTC-00020736
Riendeau, Patricia | 0001 | MTC-00026666
Rietmulder, Jay | 0001 | MTC-00003321
Riley, Claudette | 0001 | MTC-00026420
Riley, Pat | 0001 | MTC-00009425
Riley, Stanley | 0001 | MTC-00023336
Rinaldi, Ella | 0001 | MTC-00010040
Rineberg, Brian | 0001 | MTC-00005947
Ringer, Alden | 0001 | MTC-00032333
Ringering, Robert L. | 0001 | MTC-00005624
Ringrose, James | 0001 | MTC-00032948
Rittwage, Walter | 0002 | MTC-00033243
Rive, David | 0001 | MTC-00032764
River, Margaret M. | 0002 | MTC-00033061
Rivera, Linda | 0001 | MTC-00026982
Rives, Wayne | 0002 | MTC-00009195
Rizzo, Richard | 0001 | MTC-00011731
Rizzuto,. C. R. | 0001 | MTC-00010475
rkeller3@ csc.com | 0001 | MTC-00009483
rlanders1965@ yahoo.com | 0001 | MTC-00022000
RLFiala@ aol.com | 0001 | MTC-00011363
rlm357@ juno.com | 0001 | MTC-00010163
rlstout@ aosi.com | 0001 | MTC-00017280
Rlundberg@ prodigy.net | 0001 | MTC-00013809
RMeamis858@ aol.com | 0001 | MTC-00022210
rmontemorra@ att.net | 0001 | MTC-00006125
Roadifer, Rod | 0001 | MTC-00002524
Roads, Nathan | 0001 | MTC-00027101
Roark, Rex | 0001 | MTC-00021900
Roark, William | 0002 | MTC-00032252
Robbins, Denise K. | 0002 | MTC-00004220
Roberg, Mark | 0001 | MTC-00020162
Roberston, Jim | 0003 | MTC-00032598
Robert, Robert | 0001 | MTC-00021001
Roberts, Adami | 0001 | MTC-00001150
Roberts, Bud | 0001 | MTC-00015567
Roberts, Hugh | 0001 | MTC-00008767
Roberts, Jo | 0001 | MTC-00024091
Roberts, Joy Ann | 0001 | MTC-00023719
Roberts, Mark | 0001 | MTC-00012659
Roberts, Michael | 0001 | MTC-00012980
Roberts, Phyliss | 0001 | MTC-00021483
Roberts, Rick W. | 0001 | MTC-00010661
Roberts, Susan | 0001 | MTC-00006120
Robertson, Barclay | 0001 | MTC-00022796
Robertson, Frankie Thomas | 0001 | MTC-00026505
Robertson, James | 0001 | MTC-00020691
Robertson, Jim | 0003 | MTC-00010821
Robertson, Juan | 0001 | MTC-00014396
Robertson, Lance | 0001 | MTC-00029125
Robie, Sharon | 0001 | MTC-00011936
Robinette, Marie | 0001 | MTC-00005660
Robins, Frank | 0001 | MTC-00022421
Robins, Frank | 0001 | MTC-00022433
Robinson, Chris | 0001 | MTC-00020926
Robinson, Henry | 0001 | MTC-00026411
Robinson, James | 0001 | MTC-00009626
Robinson, James | 0001 | MTC-00006132
Robinson, Jason | 0002 | MTC-00003108
Robinson, Jim | 0001 | MTC-00022649
Robinson, Jonathan | 0001 | MTC-00018314
Robinson, Peter | 0001 | MTC-00019455
Robinson, Philip | 0002 | MTC-00033044
Robinson, Royce | 0001 | MTC-00024139
Robinson, Walter | 0001 | MTC-00025400
Robinson, William | 0001 | MTC-00029240
Robken, Barbara | 0002 | MTC-00032183
Robken, Barbara | 0002 | MTC-00032486
Rocha, Colleen | 0001 | MTC-00021430
Roche, Frank | 0001 | MTC-00024834
Rockett, Pat | 0001 | MTC-00010580
Rod, Rod | 0001 | MTC-00020656
Roddis, Linda | 0001 | MTC-00008085
Roderick, Regis | 0001 | MTC-00006119
Rodgers, Bill | 0001 | MTC-00033378
Rodgers, Howard | 0003 | MTC-00005025
Rodgers, Howard S. | 0001 | MTC-00010978
Rodgers, Jack | 0001 | MTC-00026959
Rodgers, Mike | 0001 | MTC-00026654
Rodriguez, Jason | 0001 | MTC-00013585
Rodriguez, Jose | 0001 | MTC-00018531
Rodriguez, Kathryn | 0001 | MTC-00012334
Rodriguez, Pete | 0001 | MTC-00006729
Rodriguez, Renee | 0001 | MTC-00021627
Rodriguez, Rudy | 0001 | MTC-00014181
Rodriquez, Eric | 0001 | MTC-00008906
Roeckel, Alfred | 0001 | MTC-00024880
Rogala, J. | 0001 | MTC-00020914
Roger | 0001 | MTC-00003387
Rogers, David | 0001 | MTC-00013008
Rogers, Don | 0001 | MTC-00017174
Rogers, Jean | 0001 | MTC-00013730
Rogers, Madoline | 0001 | MTC-00032652
Rogers, Marilyn | 0001 | MTC-00021610
Rogers, Mary | 0001 | MTC-00032839
Rogers, Ray and Doris | 0001 | MTC-00023119
Rogers, Regena C. | 0001 | MTC-00012661
Rogers, Russ | 0001 | MTC-00011960
Rogers, Valerie | 0001 | MTC-00008330
Rogowski, Bryan | 0001 | MTC-00028640
Rogowski, Sharon | 0001 | MTC-00013881
Rohla, Albert | 0001 | MTC-00024207
Rohrbaugh, William | 0002 | MTC-00033173
Roisen-Case, Deborah | 0001 | MTC-00020608
Rolen, James | 0001 | MTC-00032834
Rollans, Al | 0001 | MTC-00012949
Rollin, Gail | 0002 | MTC-00033275
Rollo, Dan | 0001 | MTC-00010940
Romano, Carolq | 0001 | MTC-00023117
Romano, Joe | 0001 | MTC-00005856
Romer, Johnny | 0001 | MTC-00022791
Ron | 0001 | MTC-00005716
Ron | 0001 | MTC-00010106
Ron, Ron | 0001 | MTC-00021200
ron1613@ aol.com | 0001 | MTC-00011414
Rondeau, Sharon | 0001 | MTC-00028791
Roni, Joseph and Virginia | 0001 | MTC-00024715
Roos, Linda | 0001 | MTC-00013872
root | 0001 | MTC-00025758
Root, Constance | 0002 | MTC-00032140
root@ wt6.usdoj.gov | 0001 | MTC-00009661
root@ wt6.usdoj.gov | 0002 | MTC-00000669
root@ wt6.usdoj.gov | 0002 | MTC-00001125
root@ wt6.usdoj.gov | 0002 | MTC-00001791
root@ wt6.usdoj.gov | 0002 | MTC-00002038
root@ wt6.usdoj.gov | 0002 | MTC-00002499
root@ wt6.usdoj.gov | 0002 | MTC-00002523
root@ wt6.usdoj.gov | 0002 | MTC-00002671
root@ wt6.usdoj.gov | 0002 | MTC-00002732
root@ wt6.usdoj.gov | 0002 | MTC-00004479
root@ wt6.usdoj.gov | 0002 | MTC-00004530
root@ wt6.usdoj.gov | 0002 | MTC-00004581
root@ wt6.usdoj.gov | 0002 | MTC-00004710
root@ wtg.usdoj.gov | 0003 | MTC-00025815
Roper, Paul | 0001 | MTC-00023691
Roscoe, Jim | 0001 | MTC-00020902
Rose, Dave | 0001 | MTC-00008338
Rose, David | 0001 | MTC-00029278
Rose, Jim | 0001 | MTC-00023625
Rosen, Gary | 0002 | MTC-00011902
Rosenberg, Bruce L. | 0004 | MTC-00032602
Rosenberger, CA | 0002 | MTC-00033298
Rosengarten, John | 0004 | MTC-00008770
Rosenthal, Dan | 0001 | MTC-00027787
rosken9306@ aol.com | 0001 | MTC-00017315
Ross, Adam | 0001 | MTC-00020423
Ross, Carl | 0001 | MTC-00022545
Ross, Claude | 0002 | MTC-00032997
Ross, Eric | 0001 | MTC-00028642
Ross, Howard | 0001 | MTC-00022897
Ross, Howard A | 0001 | MTC-00012483
Ross, Mariah K. | 0001 | MTC-00020082
Ross, Richard | 0001 | MTC-00009758
rossmein@ yahoo.com | 0001 | MTC-00021953
Roth, Josi | 0001 | MTC-00016390
Roth, Laurence | 0001 | MTC-00022691
Roth, Rob | 0001 | MTC-00003465
Rothberg, Sherman | 0001 | MTC-00026296
rotruck@ electronicpartsco.com | 0001 | MTC-00010394
Rott, Carl | 0001 | MTC-00014138
Rott, Carl | 0001 | MTC-00025595
Rott, Donna | 0001 | MTC-00014136
Rott, Donna | 0001 | MTC-00025593
ROttinghuis, Jan-Erik | 0001 | MTC-00011477
Roubik, Walter | 0001 | MTC-00010241
Roulier, Brent L. | 0001 | MTC-00010568
Rounds, Denise | 0001 | MTC-00010616
Rounds, Eric | 0001 | MTC-00025588
Rouse, Jeff | 0001 | MTC-00005174
Rouse, Preston Alan | 0001 | MTC-00008791
Rouse, Ron | 0001 | MTC-00008758
Roush, John G. | 0001 | MTC-00023486
Rousseau, Diane | 0001 | MTC-00012460
Roverts, Lee | 0001 | MTC-00007244
Rowe, Carol | 0001 | MTC-00012197
Rowe, Charles | 0001 | MTC-00012248
Rowell, Sam | 0001 | MTC-00028048
Rowland, Herbert | 0001 | MTC-00024487
Rowles, Stephen | 0001 | MTC-00020496
Rowzee, Patsy | 0001 | MTC-00012174
Rowzee, Patsy | 0001 | MTC-00020501
Roy | 0001 | MTC-00005186
Roy, Christian | 0001 | MTC-00024324
Roy, Cynthia | 0001 | MTC-00028373
Roy, George Jr. | 0001 | MTC-00012289
Royo, John | 0001 | MTC-00025597
rsanville@ portolasystems.net | 0001 | MTC-00021350
rskakun@ yahoo.com | 0001 | MTC-00024287
rstern77@ aol.com | 0001 | MTC-00013157
RTPaeschke@ aol.com | 0001 | MTC-00010058
Rubin, Richard | 0001 | MTC-00009587
Rubrigh, David | 0001 | MTC-00001612
Rubschlager, Matthew | 0001 | MTC-00002736
Rudd, Monte E. | 0001 | MTC-00007498
Ruffa, Gregory | 0001 | MTC-00006552
Rufus, Andrew | 0001 | MTC-00032795
Rulison, Peter | 0001 | MTC-00010957
Rumbaugh, David | 0001 | MTC-00021720
Ruminski, Gene | 0001 | MTC-00032837
Rummell, Tim | 0001 | MTC-00005646
Rumpza, Bill | 0001 | MTC-00010561
Runbeck, Linda | 0003 | MTC-00018551
Rund, Rick | 0002 | MTC-00032520
Runger, Carol | 0001 | MTC-00024509
Rush, Dorothy | 0001 | MTC-00012224
Rush, George | 0001 | MTC-00012235
Rushing, Roy and Faye | 0001 | MTC-00021191
Rushing, Stony | 0001 | MTC-00032566
Russel, Tom | 0001 | MTC-00005028
Russell, Andrew | 0001 | MTC-00024635
Russell, Eric | 0001 | MTC-00012978
Russell, Jack | 0001 | MTC-00012189
Russell, James M. | 0001 | MTC-00001036
Russell, John | 0001 | MTC-00021144
Russell, Malcolm | 0001 | MTC-00033010
Russell, Marilynn | 0001 | MTC-00022818
Russell, Rick | 0002 | MTC-00013551
Russell, Scott | 0001 | MTC-00000326
Russo, Frank | 0001 | MTC-00032737
rustynail@ hci.net | 0001 | MTC-00028125
Ruszczyk, Kenneth | 0001 | MTC-00011500
Ruter, Kate | 0001 | MTC-00010674
Ruterman, Ernest | 0001 | MTC-00005158
Rutherford, Andrew | 0001 | MTC-00000884
ruthwright@ aol.com | 0001 | MTC-00021962
Rutland, Sharon | 0001 | MTC-00029361
Rutte, James | 0002 | MTC-00032188
rword | 0001 | MTC-00021385
Ryan, Anne | 0001 | MTC-00020639
Ryan, Ellen | 0001 | MTC-00027832
Ryan, Jim | 0001 | MTC-00008161
Ryan, Linda | 0001 | MTC-00020611
Ryan, Matt | 0001 | MTC-00008253
Ryczek, Stephen | 0001 | MTC-00033011
Ryder, James T. | 0001 | MTC-00010994
Ryder, Roger | 0001 | MTC-00032721
Ryder385@ aol.com | 0001 | MTC-00009265
Ryness, Bryce | 0001 | MTC-00013284
Rytell, Frank | 0001 | MTC-00020233
s(038)s | 0001 | MTC-00009416
S, Carole | 0001 | MTC-00020775
s-com | 0001 | MTC-00010054
Sabbadini, Tony | 0001 | MTC-00022442
Saboe, Jon | 0001 | MTC-00020261
Sabol, Susan | 0001 | MTC-00012293
Sabrin, Joseph | 0001 | MTC-00005592
Sachen, Richard | 0001 | MTC-00015745
Sackley, Ed | 0001 | MTC-00005165
Sadin, Bobby | 0001 | MTC-00009094
Sadler, Ron | 0001 | MTC-00008438
Saenz, David | 0001 | MTC-00021925
Safina, Anthony X. | 0003 | MTC-00005157
Saggio, Nancy | 0001 | MTC-00012666
Sagheman, David | 0001 | MTC-00011576
Sago, Aaron | 0001 | MTC-00021866
Said, David | 0001 | MTC-00012376
Sailers, John S. | 0001 | MTC-00020072
Sailor, Stephanie Jayne | 0001 | MTC-00028751
Sainio, Walter | 0002 | MTC-00033304
Saishanker | 0001 | MTC-00021765
Sakolosky, Chris | 0002 | MTC-00032311
Salamon, Gregory | 0001 | MTC-00020660
Salber, Charles | 0001 | MTC-00011063
Salfen, Mac | 0001 | MTC-00012063
Salim, Hashim | 0001 | MTC-00007574
Salisbury, George | 0001 | MTC-00010652
Salmon, Wesley | 0001 | MTC-00012833
Salsman, Richard M. | 0001 | MTC-00009153
Salto30@ hotmail.com | 0001 | MTC-00011144
Salunek, Betsy | 0001 | MTC-00020762
Samman, Michael | 0001 | MTC-00003310
Sampson, Howard | 0002 | MTC-00033116
Sams, Judy | 0002 | MTC-00010488
Samuels, David | 0001 | MTC-00023249
Sanben240@ aol.com | 0001 | MTC-00011439
Sanchez, Margaret | 0001 | MTC-00026123
Sanchez, Pedro | 0001 | MTC-00026437
Sandberg, Stephen | 0001 | MTC-00021503
Sanders, Barbara | 0001 | MTC-00029350
Sanders, Barbara | 0001 | MTC-00033622
Sanders, Marie | 0001 | MTC-00032640
Sanders, R.W. | 0001 | MTC-00019946
Sanders, Robert | 0001 | MTC-00022420
Sands, Jerry | 0001 | MTC-00020630
Sanford, Dorothy | 0001 | MTC-00026944
Sanford, Mike | 0002 | MTC-00032448
Sanger-Morrison, Cheryl | 0001 | MTC-00023176
Sanramon@ airmail.net | 0001 | MTC-00017298
Sant, Lynn | 0001 | MTC-00012159
Sant, Lynn and Ms. Leanne | 0001 | MTC-00010707
Santeusanio, Samuel | 0001 | MTC-00022472
Santore, Bob and Adie | 0001 | MTC-00028945
Santoro, Frank | 0001 | MTC-00021586
Sargeant, Douglas | 0001 | MTC-00025290
Sass, Donald | 0001 | MTC-00005916
Sass, Joe | 0001 | MTC-00000718
Sass, M | 0001 | MTC-00032799
Satoshi, Yajima | 0001 | MTC-00027585
Satterfield, Jack | 0001 | MTC-00027037
Sauber, Michael | 0002 | MTC-00032425
Saul, Jeffrey | 0001 | MTC-00021749
Saultz, James | 0001 | MTC-00024417
Saunders, Colem | 0003 | MTC-00033337
Saunders, Evelyn | 0001 | MTC-00012097
Saunders, George | 0001 | MTC-00005664
Saunders, John | 0001 | MTC-00012663
Saunders, Mike | 0002 | MTC-00025474
Saunders, Robert | 0001 | MTC-00022185
Savage, Timothy | 0001 | MTC-00022572
Savastano, Katherine | 0001 | MTC-00013263
Saver, Matt | 0001 | MTC-00013863
Saville, James | 0001 | MTC-00010770
Saville, James | 0001 | MTC-00003402
Saville, Keith | 0001 | MTC-00007369
Sawley, Lewis W. | 0001 | MTC-00028749
Sawtell, Sean | 0001 | MTC-00004999
Sawyer, Chuck | 0001 | MTC-00026571
Sawyer, Judy | 0001 | MTC-00011343
Sawyer, Judy | 0001 | MTC-00008124
Sawyer, Timothy | 0001 | MTC-00012232
Saxby, John | 0001 | MTC-00004899
Saxton, Dean | 0001 | MTC-00021152
Saxton, Dean | 0001 | MTC-00021153
Sburmanl@ yahoo.com | 0001 | MTC-00017277
SBXBandit@ aol.com | 0001 | MTC-00000686
Scafidi, Frank | 0001 | MTC-00012396
Scalone, Ronald | 0001 | MTC-00020516
Scarbrough, Hollis | 0001 | MTC-00008465
Scarmeas, C. | 0001 | MTC-00023791
Schaaphok, Chester | 0001 | MTC-00029484
Schacher, Keith | 0001 | MTC-00023902
Schack, Brain | 0001 | MTC-00025271
Schaefer, Marshall | 0001 | MTC-00002924
Schaer, James | 0001 | MTC-00012367
Schaer, James | 0001 | MTC-00032632
Schafer, Joe | 0001 | MTC-00023529
Schafer, Wayne | 0001 | MTC-00022018
Schan, Andre | 0001 | MTC-00012690
Schauer, Emil | 0001 | MTC-00013227
Schauer, William | 0002 | MTC-00033048
Scheel, Mark and Snook, Dee | 0001 | MTC-00011946
Scheibert,Shelly | 0001 | MTC-00021682
Schelhorn, Arno | 0001 | MTC-00021623
Schendel, Dale | 0001 | MTC-00028778
Scherdel, Beverly and Dale | 0001 | MTC-00011891
Scherer, Mark | 0001 | MTC-00012372
Schermerhorn, Joel | 0001 | MTC-00010986
Schertes, Martin | 0001 | MTC-00011896
Schexnaydre, Larry | 0001 | MTC-00012526
Schey, Rolf | 0001 | MTC-00022400
Schiavo, Janice | 0001 | MTC-00021657
Schieder, Hans | 0001 | MTC-00009428
Schierling, Cindy | 0001 | MTC-00032873
Schiess, Steve | 0001 | MTC-00020633
Schiffke, Peter | 0001 | MTC-00020769
Schiller, Stephen | 0002 | MTC-00032914
Schinnell, Gary | 0001 | MTC-00012491
Schiraldi, Mike | 0001 | MTC-00015943
Schiraldi, Mike | 0001 | MTC-00003371
Schlange, Linda | 0001 | MTC-00011748
Schlatre, Michelle | 0001 | MTC-00027775
Schlegel, Mick | 0001 | MTC-00021421
Schleiger, Robert | 0001 | MTC-00029200
Schlinkmann, Patricia | 0001 | MTC-00006966
Schmatz, Jeffrey A. | 0001 | MTC-00005634
Schmeidler, Dan | 0002 | MTC-00020091
Schmidt, Pamela | 0001 | MTC-00009418
Schmidt, Patrick | 0001 | MTC-00000372
Schmidt, Rollie | 0002 | MTC-00008729
Schmidtz, Pamela | 0001 | MTC-00032416
Schmike, James | 0001 | MTC-00006917
Schmitcke, Brad | 0001 | MTC-00004846
Schmitz, Arnold & Linda | 0001 | MTC-00000879
Schmoll, C. H. | 0001 | MTC-00012797
Schmoll, C.H. | 0001 | MTC-00007785
Schmollinger, Bettye D. | 0001 | MTC-00028275
Schneeweiss, Hallie | 0001 | MTC-00012683
Schneider, Charles | 0001 | MTC-00013519
Schneider, Irma | 0002 | MTC-00033221
Schneider, Janice | 0001 | MTC-00013268
Schneider, Ken | 0002 | MTC-00032240
Schneider, Lorette | 0001 | MTC-00004030
Schneider, Morrie | 0001 | MTC-00013061
Schneider, Tiffany | 0001 | MTC-00022712
Schneider, Walter | 0001 | MTC-00013266
Schneider, Walter | 0001 | MTC-00013267
Schnitzer, Gary | 0001 | MTC-00016276
Schnuck, John | 0002 | MTC-00032455
Schnute, Joan | 0001 | MTC-00026207
Schober, Larry | 0001 | MTC-00011506
Schoen, Frank | 0001 | MTC-00014195
Schoenbaum, Mark | 0001 | MTC-00018191
Schoenharl, Ed | 0001 | MTC-00000891
Schopf, Gregory | 0002 | MTC-00032478
Schreck, David F. | 0001 | MTC-00011279
Schreiner, Myron | 0001 | MTC-00011934
Schreiner, Myron M. | 0001 | MTC-00029302
Schriever, Herbert | 0001 | MTC-00026775
Schroeder, Martha | 0001 | MTC-00006984
Schuck, John | 0002 | MTC-00032144
Schuetz, John | 0001 | MTC-00003960
Schuh, Cheryl | 0001 | MTC-00005594
Schuler, Martha | 0001 | MTC-00023555
Schulien, Chuck | 0001 | MTC-00005706
Schultz, Dave | 0002 | MTC-00022487
Schultz, Jerry | 0001 | MTC-00029261
Schultz, Matt | 0002 | MTC-00026269
Schultz, Peter | 0002 | MTC-00028362
Schultz, Ron | 0001 | MTC-00008640
Schultze, Karl | 0001 | MTC-00003527
Schulz, Ed | 0001 | MTC-00012264
Schulze, Bob | 0001 | MTC-00009505
Schuster, Charles A. | 0001 | MTC-00008129
Schuster, Richard J. | 0001 | MTC-00027139
Schwab, Edwin | 0001 | MTC-00004955
Schwartz, Carrie | 0001 | MTC-00004190
Schwartz, Michael | 0002 | MTC-00006996
Schwartz, Michael | 0001 | MTC-00011388
Schwartz, Michael | 0002 | MTC-00007023
Schwartz, Revelene | 0001 | MTC-00012492
Schwerdt, Tom | 0001 | MTC-00018720
Schwinek, Lorvey H. | 0001 | MTC-00029461
Scilipoti, Matt | 0001 | MTC-00022077
Scneider, Walter and Janice | 0001 | MTC-00028980
Scoggins, Hal | 0001 | MTC-00012274
Scoglio, Joe | 0002 | MTC-00033269
Scott, Candy | 0002 | MTC-00032859
sCOTT, jOEL | 0001 | MTC-00024059
Scott, Larry | 0001 | MTC-00033136
Scott, Tillema | 0002 | MTC-00026094
scott.a.oberle@ boeing.com | 0001 | MTC-00024779
Scottaline, Michael | 0002 | MTC-00005037
Scrivenor, James R. | 0001 | MTC-00011990
Scrofani, Richard | 0002 | MTC-00032223
Scruggs, Barbara | 0002 | MTC-00032213
Scully, John C. | 0001 | MTC-00007275
Seacrist, Ben | 0001 | MTC-00011268
Seaman, Melissa | 0001 | MTC-00021084
Sears, Mary Catherine | 0001 | MTC-00022534
sebolt@ cybolt.com | 0001 | MTC-00017230
Secor, Steve | 0001 | MTC-00005704
Secrest, Will | 0001 | MTC-00016899
Sedars, Jo Ann | 0001 | MTC-00010849
Sedlack, Tim | 0002 | MTC-00007776
See, Larry | 0001 | MTC-00029016
Sego, Judith | 0001 | MTC-00014074
Seitz, George | 0002 | MTC-00012074
Sekar, Philip | 0001 | MTC-00028018
Sekar, Philip C. | 0001 | MTC-00024511
Selgas, Alfred | 0002 | MTC-00009983
Selhorn, Art | 0001 | MTC-00012198
Selits, Leslie | 0001 | MTC-00002927
Sellers, Dieter | 0001 | MTC-00011125
Sellon, Charles A. | 0001 | MTC-00010737
Sells, Daniel | 0001 | MTC-00028740
Semler, Kurt | 0001 | MTC-00020218
Senatore, William | 0002 | MTC-00033139
Seng, David | 0001 | MTC-00032816
Serrano, Olivier | 0001 | MTC-00009475
Sesler, Donna | 0001 | MTC-00022747
Setzer, Alphild | 0001 | MTC-00010032
Severance, Allen | 0001 | MTC-00011120
severio@ peoplepc.com | 0001 | MTC-00015994
Sevilla, Thomas | 0001 | MTC-00013260
Sewell, P.L. | 0002 | MTC-00027866
Sexauer, Donald | 0001 | MTC-00012995
Sexauer, Rick | 0001 | MTC-00032817
Sexson, Orbin | 0001 | MTC-00020679
Seybert, marge | 0001 | MTC-00007861
sfcwhidbey.com | 0001 | MTC-00024293
SH | 0001 | MTC-00003434
Shabels | 0001 | MTC-00005661
Shackelford, Leonard | 0001 | MTC-00028830
Shackelford, Vic | 0001 | MTC-00006945
Shackittam@ aol.com | 0001 | MTC-00014688
Shaddix, Doug | 0001 | MTC-00024351
Shaffer, Becki | 0002 | MTC-00033119
Shaffer, Debra | 0001 | MTC-00013957
Shaffer, Debra | 0001 | MTC-00021448
Shahbaz, Dimi | 0001 | MTC-00014987
Shampo, Patricia | 0001 | MTC-00032820
Shanander, Dianne | 0001 | MTC-00012383
Shaner, Frank | 0001 | MTC-00007567
Shannon, Dan | 0001 | MTC-00004118
Sharma, Raj | 0001 | MTC-00007280
Sharn, Gary | 0001 | MTC-00013307
Sharp, Harold | 0001 | MTC-00013009
Sharp, Nick | 0001 | MTC-00019035
Sharp, Robert J. | 0001 | MTC-00001889
Sharp, Ryan | 0001 | MTC-00012934
Sharpe, Bill | 0001 | MTC-00012096
Sharpe, Patricia | 0001 | MTC-00020695
Shaw, Donald | 0001 | MTC-00011855
Shaw, Gregory | 0001 | MTC-00019238
Shaw, Michael | 0001 | MTC-00006586
Shea, John | 0001 | MTC-00009470
Shea, Sandra | 0001 | MTC-00023645
Sheehan, David | 0001 | MTC-00012238
Sheehan, David | 0001 | MTC-00029223
Sheehan, Kevin | 0002 | MTC-00032276
Sheehan, Patrick | 0001 | MTC-00013341
Sheer, Vickie | 0001 | MTC-00027772
Sheesley, Michael | 0001 | MTC-00020433
Sheets, Dona | 0001 | MTC-00029165
Sheffert, Kenneth | 0001 | MTC-00032572
Sheldon, Steve | 0001 | MTC-00011041
Shelton, Ken | 0001 | MTC-00005461
Shelton, Ray | 0001 | MTC-00008556
Shen, Mary | 0001 | MTC-00003540
Shenefiel, Chris | 0001 | MTC-00016245
Shepard, C. D. | 0001 | MTC-00014012
Shepard, C.D. | 0001 | MTC-00014120
Shepard, Marilyn | 0001 | MTC-00022095
Shepard, Monica | 0001 | MTC-00022086
Sheperd, Darren | 0001 | MTC-00005041
Sheppard, Mark | 0001 | MTC-00012352
Sher, Lawrence | 0001 | MTC-00009051
Sher, Van | 0002 | MTC-00012664
Sheridan, Flash | 0001 | MTC-00005276
Sheridan, Susan | 0001 | MTC-00032389
Sheridan, Susan | 0001 | MTC-00008993
Sherkus, Phyllis L | 0001 | MTC-00012328
Sherlock, Ruth | 0001 | MTC-00023390
Sherman, Dennis | 0001 | MTC-00020659
Sherman, Joseph M. | 0001 | MTC-00010760
Sherman999@ aol.com | 0001 | MTC-00008266
Sherrell, Lee | 0001 | MTC-00008597
Sherris, William | 0001 | MTC-00012651
Sherris, William | 0001 | MTC-00020905
Shervey, Paul D. | 0002 | MTC-00028534
Sherwood, Steve | 0001 | MTC-00014198
Sherwood, Stuart | 0001 | MTC-00027124
Sheryl, Sheryl | 0001 | MTC-00022676
Sheterom, Samuel G | 0001 | MTC-00012689
Sheteron, Samuel | 0001 | MTC-00009481
Shields, Doris H. | 0001 | MTC-00012438
shiftleit@ specialtytrans.com | 0001 | MTC-00024266
Shih, Andy | 0002 | MTC-00018079
Shillinger, Ricky | 0001 | MTC-00023451
Shillinger, Ricky | 0001 | MTC-00023452
Shimkus, Stanley | 0001 | MTC-00014801
Shimono, Ronald | 0001 | MTC-00023687
Shindorf, Diana | 0001 | MTC-00001460
Shiner, Andrew | 0001 | MTC-00028964
Shiner, Randy | 0001 | MTC-00022733
Shinholt, Rex | 0001 | MTC-00012200
Shipley, Matt | 0001 | MTC-00002691
Shipman, Anthony | 0001 | MTC-00012588
Shirey, Karen | 0001 | MTC-00033670
Shirk, Cheryl | 0001 | MTC-00011927
Shirley, Larry | 0001 | MTC-00006001
Shirley, Shirley | 0001 | MTC-00026460
Shneiderman, Ben | 0002 | MTC-00004829
Shoemaker, Jean | 0001 | MTC-00004807
Shoemaker, Yvonne | 0001 | MTC-00013259
Shook, Jennie | 0001 | MTC-00012431
Short, Al | 0001 | MTC-00008600
Short, David and Lisa | 0001 | MTC-00023933
Short, David and Lisa | 0001 | MTC-00033404
Short, James | 0001 | MTC-00032558
Shortridge, Doublas | 0001 | MTC-00024790
Shouse, Lee | 0002 | MTC-00003489
Showen, David | 0001 | MTC-00021405
Shriver, Scott | 0002 | MTC-00028350
Shubs, Howard S. | 0001 | MTC-00018322
Shuga, Beryl | 0002 | MTC-00032155
Shuler, Steven | 0001 | MTC-00012947
Shuman, Jay | 0001 | MTC-00003428
Shumate, Brenda | 0001 | MTC-00009412
Shupper, Thomas | 0001 | MTC-00023177
Shurts, Russell | 0001 | MTC-00017524
Shutes, Fredda | 0001 | MTC-00011859
Sicard, Price | 0001 | MTC-00023707
Sidman, BRadley | 0001 | MTC-00027265
Sieber, Barney | 0001 | MTC-00022057
Sieg, Randolph | 0001 | MTC-00022004
Siemens, Joyce | 0001 | MTC-00011328
Siemer, Dale | 0001 | MTC-00020173
Sigle, Tracey | 0001 | MTC-00012176
Sigler, Diann | 0001 | MTC-00023254
Signorile, Bill and Kathy | 0001 | MTC-00021222
Signorile, William | 0001 | MTC-00012279
Sigtermans, Carole | 0001 | MTC-00011868
Silva, Rita F. | 0001 | MTC-00012077
Silva, Tony | 0001 | MTC-00001799
Silveira, Ruth | 0001 | MTC-00010104
Silveira, Ruth | 0001 | MTC-00011892
Silver, Phoenix | 0001 | MTC-00010003
Silverman, Alex | 0002 | MTC-00014437
Simko, Mary | 0001 | MTC-00022949
Simmons, John R. | 0001 | MTC-00008755
Simmons, Lance | 0001 | MTC-00018745
Simmons, Roy | 0001 | MTC-00029133
Simmons, Thomas | 0001 | MTC-00033015
Simon, Casey | 0001 | MTC-00028644
Simons, Paul | 0001 | MTC-00014183
Simons, Paul | 0001 | MTC-00020911
Simonson, Janet | 0001 | MTC-00032883
Simpson, Nancy | 0001 | MTC-00009754
Simpson, Randy | 0001 | MTC-00000394
Simpson, William | 0002 | MTC-00033184
Sinclair, Chris | 0001 | MTC-00032696
Sinclair, Janet | 0001 | MTC-00003031
Sipes, Elaine | 0001 | MTC-00008307
Sipes, Kevin | 0002 | MTC-00032518
Sirianni, Joseph | 0001 | MTC-00007325
Sisk, Phyllis | 0001 | MTC-00032708
Sitcer, Jill | 0001 | MTC-00010698
Sjouwerman, Stv | 0001 | MTC-00011792
Skidmore, David | 0002 | MTC-00032295
Skiermont, Frank | 0001 | MTC-00032761
Skinn, Wilbert | 0001 | MTC-00032607
Skinner, Dan | 0001 | MTC-00020645
Skinner, Dan | 0001 | MTC-00020665
Skinner, Steve | 0001 | MTC-00009161
Skinner, Suzanne | 0002 | MTC-00004568
Sky, Beverly | 0001 | MTC-00008181
Slate, Bob | 0002 | MTC-00000273
Slater, Donald | 0002 | MTC-00032466
Slater, Hart | 0001 | MTC-00009923
Slatin, A. | 0002 | MTC-00033292
Slaughter, Elizabeth | 0001 | MTC-00027195
Slavador, Tom | 0001 | MTC-00008969
Slavicek, Larry | 0001 | MTC-00012798
Slayton, Gregory | 0001 | MTC-00010985
Slayton, Melvin | 0001 | MTC-00022053
Slipko, Gordon Sr. | 0001 | MTC-00027901
Sliwinski, Ian | 0001 | MTC-00022953
Sluder, Diane | 0001 | MTC-00012992
Small, Karen E. | 0001 | MTC-00010158
Small, Leonard | 0001 | MTC-00019547
Small, Shiela | 0002 | MTC-00030649
Smallwood, Michael | 0001 | MTC-00021539
Smegregr@ swbell.net | 0001 | MTC-00012739
Smiddy, Chad | 0001 | MTC-00029491
Smith Jr., Robert | 0001 | MTC-00032592
Smith, Adam Christian | 0001 | MTC-00027939
Smith, Alvin C. | 0001 | MTC-00021675
Smith, Andrew | 0001 | MTC-00032546
Smith, Bart | 0001 | MTC-00028286
Smith, Becky | 0001 | MTC-00009652
Smith, Betty | 0001 | MTC-00012521
Smith, Bob | 0001 | MTC-00000896
Smith, Brian | 0001 | MTC-00000107
Smith, Cheryl | 0001 | MTC-00023327
Smith, David | 0006 | MTC-00003286
Smith, Ed | 0001 | MTC-00029105
Smith, Edie | 0002 | MTC-00026025
Smith, Edward | 0001 | MTC-00012276
Smith, Eleanor | 0001 | MTC-00012361
Smith, Emma Jean | 0001 | MTC-00023488
Smith, Fred | 0002 | MTC-00023216
Smith, Gary | 0001 | MTC-00011499
Smith, Gilbert J. | 0001 | MTC-00026673
Smith, Greg | 0001 | MTC-00010805
Smith, Irene | 0001 | MTC-00022501
Smith, Irving | 0001 | MTC-00032902
Smith, James | 0001 | MTC-00032888
Smith, Jane | 0001 | MTC-00012155
Smith, Jeffrey | 0001 | MTC-00023440
Smith, Jeffrey | 0001 | MTC-00007421
Smith, Joan Peven | 0001 | MTC-00027838
Smith, John | 0001 | MTC-00010784
Smith, John | 0002 | MTC-00032226
Smith, Joseph | 0001 | MTC-00024414
Smith, Kathleen | 0001 | MTC-00025689
Smith, Ken | 0001 | MTC-00012632
Smith, Ken | 0001 | MTC-00027475
Smith, Ken | 0001 | MTC-00011169
Smith, Kenneth | 0001 | MTC-00014011
Smith, Kenneth | 0001 | MTC-00014005
Smith, Kirk | 0001 | MTC-00013984
Smith, manfred | 0001 | MTC-00009091
Smith, Manfred | 0001 | MTC-00018685
Smith, Mark | 0001 | MTC-00024728
Smith, Phil | 0001 | MTC-00018738
Smith, Ray | 0001 | MTC-00021921
Smith, Robert | 0001 | MTC-00029063
Smith, Robert | 0002 | MTC-00004909
Smith, Robert | 0001 | MTC-00028809
Smith, Robert George | 0001 | MTC-00021651
Smith, Rodney | 0002 | MTC-00001199
Smith, Roy | 0002 | MTC-00032298
Smith, Sherman | 0001 | MTC-00023078
Smith, Simon | 0001 | MTC-00000941
Smith, Stan | 0001 | MTC-00028781
Smith, Terry | 0001 | MTC-00032674
Smith, Terry | 0001 | MTC-00021079
Smith, Timothy L. | 0001 | MTC-00029435
Smith, Warren | 0001 | MTC-00029113
Smith, Win | 0001 | MTC-00013220
Smith-Bates, Jacqui | 0001 | MTC-00011974
smithersx3@ yahoo.com | 0001 | MTC-00011888
Smithson, Julie | 0001 | MTC-00032705
Smyth, LLoyd | 0001 | MTC-00026925
Snedeker, Brad | 0001 | MTC-00000732
Snelso, Everett | 0001 | MTC-00011945
snjewins@ att.net | 0001 | MTC-00011313
Snodgrass, Tommy | 0001 | MTC-00004287
Snow, Linda P. | 0001 | MTC-00006319
Snow, Rodney | 0001 | MTC-00028939
Snow, William | 0001 | MTC-00022403
Snyder, Charles | 0001 | MTC-00032686
Snyder, David | 0001 | MTC-00010727
Snyder, Keith | 0001 | MTC-00023656
Soares, Donna | 0001 | MTC-00012245
Sobba, Rick | 0001 | MTC-00004453
Socci, Vincent J. | 0001 | MTC-00013013
Sockwell, Chip | 0002 | MTC-00016735
Sodey, Ryo | 0001 | MTC-00013197
Soh, Samuel | 0001 | MTC-00006425
Solar, Philip | 0001 | MTC-00005313
Soldwedel, Frank | 0002 | MTC-00033329
Solheim, Sharon | 0001 | MTC-00006991
Solis, Frank | 0001 | MTC-00021435
Soliz, Rosa | 0001 | MTC-00021861
Solomon, Gloria | 0001 | MTC-00010028
Solomon, Henry | 0001 | MTC-00026934
Soltis, Alan | 0001 | MTC-00023126
Solum, Robert | 0001 | MTC-00023384
Solyan, James | 0001 | MTC-00022743
Somerville, Kathleen | 0001 | MTC-00012481
Somogyi, Andrew | 0001 | MTC-00013280
Sonnier Jr., Richard L. | 0002 | MTC-00028046
Sonnier, Joseph A. | 0001 | MTC-00026577
Sonnier, Richard D. | 0001 | MTC-00028318
Sonntag, Phil | 0002 | MTC-00025457
Sonstegard, John | 0001 | MTC-00013302
Sophus@ earthlink.net | 0001 | MTC-00017281
Sorci, Linda | 0001 | MTC-00020546
Sorci, Linda | 0002 | MTC-00032269
Sorrells, Margaret | 0001 | MTC-00014729
Sosebeee, Diane | 0002 | MTC-00032521
Soulsby, Mary | 0001 | MTC-00023410
Soussa, Ronald | 0001 | MTC-00006980
South, G. Franklin | 0001 | MTC-00012011
Southwick, Cheryl | 0001 | MTC-00026971
Sowell, Elon | 0001 | MTC-00013247
Sowell, Perry | 0002 | MTC-00033277
Sowins, Ellen | 0001 | MTC-00012380
Soyars, Chuck | 0001 | MTC-00005793
Spade3@ juno.com | 0001 | MTC-00013148
Spaeth, Mark | 0002 | MTC-00032158
Spalding, Mike | 0001 | MTC-00008830
Spaletto, Steven | 0002 | MTC-00027632
Spaller, David | 0002 | MTC-00032169
Spam, Spam, Spam | 0001 | MTC-00003677
Sparks, Bruce | 0001 | MTC-00009382
Sparks, Gary | 0001 | MTC-00000017
Sparks, Kathy | 0001 | MTC-00011730
Sparks, Marcia | 0001 | MTC-00010025
Sparks, Wayne | 0001 | MTC-00020525
Sparrevohn, Fred | 0001 | MTC-00007265
Spart, Kenneth Paul | 0001 | MTC-00023324
Spatz, Nanette | 0001 | MTC-00013886
Spbucj@ aol.com | 0001 | MTC-00008821
Speckerman, Wendy | 0001 | MTC-00032617
Speer, Paul | 0002 | MTC-00011249
Spellmon, Lance | 0001 | MTC-00011164
Spencer, Frank | 0001 | MTC-00012033
Spero, Mary | 0001 | MTC-00010996
Spezzano, Louis | 0001 | MTC-00024883
Spicer, David | 0001 | MTC-00015043
Spicer, Marlene | 0001 | MTC-00023753
Spicer, Vernon | 0001 | MTC-00012987
spider@ arachniplex.net | 0001 | MTC-00010468
Spielman, Martin | 0002 | MTC-00032141
Spielman, Martin | 0002 | MTC-00032484
Spiewak, Rick | 0001 | MTC-00027875
Spigelman, Alan | 0001 | MTC-00009206
Spilger, Philip G. | 0001 | MTC-00008297
Spinelli, David | 0001 | MTC-00020539
Spires, Wendell | 0001 | MTC-00011379
Spittler, Doug | 0001 | MTC-00009838
Spriggs, John | 0001 | MTC-00014824
Springer, Michael | 0002 | MTC-00008141
Springman, Scott R. | 0001 | MTC-00006674
Springmeyer, Clifford | 0002 | MTC-00032191
Sprinkmeier, Thomas | 0002 | MTC-00001002
Sproat, John | 0001 | MTC-00021740
Sproat, John | 0001 | MTC-00013664
Sproule, Glenn | 0001 | MTC-00012137
Ssudha@ mail.humonc.wisc.edu | 0001 | MTC-00021979
St. Catherine, Steven | 0002 | MTC-00002174
St. Catherine, Steven | 0004 | MTC-00004813
St. John, C. Gus | 0001 | MTC-00008805
St. Louis, Robert | 0002 | MTC-00032850
Staats, Shane E. | 0001 | MTC-00027570
Stacey, Fred | 0001 | MTC-00012244
Stacey, Fred | 0001 | MTC-00006867
Stack, Dolores | 0001 | MTC-00020796
Staelin, Carl | 0002 | MTC-00015365
Stafford, Arthur | 0001 | MTC-00013672
Stafford, Delores | 0001 | MTC-00013000
Stafford, Delores | 0001 | MTC-00009522
Stafford, Robert | 0001 | MTC-00029058
Stahl, Arthur | 0002 | MTC-00032297
Stahl, Jeannine | 0002 | MTC-00032296
Stahla, Harry A. | 0001 | MTC-00013274
Stahler, Christopher | 0001 | MTC-00008475
Staley, Perry | 0001 | MTC-00012249
Staley, Perry | 0002 | MTC-00032342
Staley, Perry | 0001 | MTC-00030852
Stallone, Cosmo | 0001 | MTC-00012299
Stalter, Olivia | 0001 | MTC-00025710
Stanchfield, Kyle | 0001 | MTC-00012679
Stanifer, Albert | 0001 | MTC-00012681
Stanke, Ray | 0001 | MTC-00012381
Stankovsky, Carol | 0002 | MTC-00033180
Stanley, Ernest | 0001 | MTC-00018622
Stanley, Karen | 0001 | MTC-00022920
Stanley, Robert | 0001 | MTC-00012685
Stansbury, Thomas | 0001 | MTC-00010553
Stansell, David | 0001 | MTC-00027057
Stanzel, Michael | 0001 | MTC-00033262
Staples, John | 0003 | MTC-00033799
Staples, Mike | 0001 | MTC-00001616
Stark, Charles | 0001 | MTC-00005238
Stark, Jerry | 0002 | MTC-00007615
Starling, Willie | 0001 | MTC-00032684
Starliper, Stephen | 0002 | MTC-00033287
Starri, Ernesto | 0001 | MTC-00029051
Staskel, Janet | 0001 | MTC-00012341
Staskel, William | 0001 | MTC-00012304
Staskel, William J. | 0001 | MTC-00009358
Statkiewicz, Walt | 0002 | MTC-00012116
Staton, Shirley | 0001 | MTC-00021450
Stauffer, Bob | 0001 | MTC-00011880
Stauffer, Curtis | 0001 | MTC-00027897
Staunton, Billie | 0001 | MTC-00021054
Stavrou, Byron | 0001 | MTC-00006153
Stavrov, Byron | 0001 | MTC-00012122
Stead, James | 0001 | MTC-00012626
Stearns, Mary | 0001 | MTC-00022182
Stebbins, Evelyn | 0001 | MTC-00023413
Stebbins, Peter | 0001 | MTC-00032849
Stebley, Gene | 0001 | MTC-00005302
Stechmann, Eric | 0001 | MTC-00016184
Stedding, Jeff | 0001 | MTC-00020972
Stedng, Raymond | 0001 | MTC-00011092
Steele, Andrew | 0002 | MTC-00001368
Steele, Gerald | 0001 | MTC-00011834
Steele, Stephen | 0002 | MTC-00010730
Steenback, Jan | 0001 | MTC-00012644
Stefan, Donna | 0001 | MTC-00020619
Steffey, Roy | 0001 | MTC-00014563
Stegall, Anne | 0001 | MTC-00012627
Stegmaier, George | 0001 | MTC-00013027
Steinbach, Rob | 0001 | MTC-00010255
Steinberger, Mark | 0001 | MTC-00025987
Steinhart, Albert | 0001 | MTC-00007307
Steinhart, Ben | 0001 | MTC-00007771
Steinhauser, Sam | 0001 | MTC-00005957
Steinhour, Bill | 0001 | MTC-00024489
Steinmetz, Fred | 0001 | MTC-00022579
Stella, William | 0006 | MTC-00009665
Stelly, Marlene and C Warren | 0001 | MTC-00012373
Stemper, Julia | 0001 | MTC-00010636
Steorts, Roland | 0001 | MTC-00020715
Steorts, Ronald C | 0001 | MTC-00014746
Stepan, Barbara | 0001 | MTC-00003964
Steph2@ microsoft.com | 0001 | MTC-00011305
Stephan, Mark | 0001 | MTC-00020098
Stephane | 0001 | MTC-00010628
Stephen, Barbara | 0001 | MTC-00014367
Stephenes, J.A. | 0001 | MTC-00025393
Stephens, Barry | 0001 | MTC-00012242
Stephens, Barry | 0001 | MTC-00009633
Stephens, Brandon | 0001 | MTC-00017622
Stephens, Dean | 0001 | MTC-00010556
Stephens, James | 0002 | MTC-00033206
Stephens, Jeffrey | 0001 | MTC-00000148
Stephens, Mark | 0001 | MTC-00010806
Stephens, Steve | 0001 | MTC-00005869
Stephens, Stuart B. Jr. | 0001 | MTC-00011940
Stephenson, Frank | 0001 | MTC-00022062
Stephenson, Laura | 0002 | MTC-00025759
Stephenson, Tom | 0001 | MTC-00010089
Sterling, C.O. “Cap” | 0002 | MTC-00032182
Steuber, Robert | 0001 | MTC-00023642
Steuber, Robert | 0001 | MTC-00023644
steve@ sanguinettico.com | 0001 | MTC-00017289
Stevens, Don | 0001 | MTC-00028011
Stevens, James and Alice | 0001 | MTC-00032954
Stevens, Jim | 0001 | MTC-00019605
Stevens, Joe | 0002 | MTC-00002596
Stevens, Ralph | 0001 | MTC-00015925
Stevens, Sean | 0001 | MTC-00019381
Stevenson, Herbert | 0002 | MTC-00032177
Stevenson, Herbert | 0001 | MTC-00032585
Stevenson, Kyle | 0001 | MTC-00013056
Stevenson, Lisa | 0001 | MTC-00032842
Stevenson, Marcia | 0001 | MTC-00032581
Stevenson, Tom | 0001 | MTC-00028415
Steward, Nick | 0001 | MTC-00012471
Steward, Rebecca | 0001 | MTC-00012447
Steward, Ronald | 0001 | MTC-00027683
Stewart, Chris | 0001 | MTC-00012795
Stewart, Floyd | 0001 | MTC-00032949
Stewart, Grace | 0001 | MTC-00023951
Stewart, Grace | 0001 | MTC-00033412
Stewart, Harry | 0002 | MTC-00033084
Stewart, James | 0001 | MTC-00022678
Stewart, Ken | 0001 | MTC-00026943
Stewart, Michael | 0001 | MTC-00013029
Stewart, Roy | 0001 | MTC-00032709
Stewart, Warren | 0001 | MTC-00008498
sthompson292811MI@ comcast.net | 0001 | MTC-00010887
Stilin, John | 0001 | MTC-00033400
Still, Constance | 0001 | MTC-00013016
Stilwell, Albert | 0001 | MTC-00023307
Stites, Steve | 0001 | MTC-00004986
Stock, Mary | 0002 | MTC-00033108
Stocker, Alexandra | 0001 | MTC-00008121
Stoddard, David | 0001 | MTC-00033407
Stoeker, Richard | 0001 | MTC-00025390
Stogentin, Randall | 0001 | MTC-00027791
Stokely, Kenneth | 0001 | MTC-00013231
Stokes, Spencer P. | 0001 | MTC-00032036
Stokum, Carolyb | 0001 | MTC-00023385
Stolp, Gary | 0001 | MTC-00012172
Stoltz, Jeff | 0001 | MTC-00021181
Stoltzfus, Florence | 0001 | MTC-00012331
Stone, Barbara | 0001 | MTC-00027144
Stone, Robert and June | 0002 | MTC-00032511
Stone, Ronald | 0001 | MTC-00009548
Stone, Tracy | 0002 | MTC-00032523
Stoneburner, Jim | 0001 | MTC-00011536
Stoner, William | 0001 | MTC-00032877
Stoppa, Frank | 0001 | MTC-00021818
Stoppa, Frank | 0001 | MTC-00013670
Storck, Dennis | 0001 | MTC-00012963
Stordahl, Norm | 0001 | MTC-00007518
Storm, Stephen | 0002 | MTC-00033151
Stormes, Lester | 0001 | MTC-00000152
Stortenbecker, Melinda | 0001 | MTC-00010683
Storz, Hilma | 0001 | MTC-00009275
Stoughton, Tim | 0001 | MTC-00005022
Stoutenger, Jack | 0001 | MTC-00005224
Stouts, Richard | 0001 | MTC-00013195
Stouts, Richard | 0001 | MTC-00008473
Stouts, Richard | 0001 | MTC-00011367
Stowe, Kim | 0001 | MTC-00012199
Stowe, Royce | 0001 | MTC-00021639
Stowell, Deric | 0001 | MTC-00018718
Stowers, Norman | 0001 | MTC-00026695
Stpehenson, Tom | 0001 | MTC-00003045
stpranch@ hotmail.com | 0001 | MTC-00024152
stpranch@ hotmail.com | 0001 | MTC-00024252
Strain, Mike | 0002 | MTC-00032522
Strand, Carl | 0001 | MTC-00020531
Strand, Troy | 0001 | MTC-00022824
Strasser, Carl | 0001 | MTC-00014072
Strauss, Paul | 0001 | MTC-00000483
Strauss, Randy | 0004 | MTC-00017732
Strawn, Monroe | 0001 | MTC-00024621
Stricklan, Gloria | 0001 | MTC-00022453
Strickland, L. | 0002 | MTC-00032138
Strickland, Thomas E. | 0001 | MTC-00009937
Strickler, Dale | 0002 | MTC-00000506
Stringham, Willard | 0001 | MTC-00020927
Strong, Jeff | 0001 | MTC-00013203
Strong, Mike | 0002 | MTC-00010569
Strong, R.E. | 0001 | MTC-00014348
Stroscheim, Emmett | 0001 | MTC-00013911
Stroud, Ruth | 0001 | MTC-00020303
Stru, Merritt | 0001 | MTC-00023137
Strzelec, Stanley | 0001 | MTC-00006118
STU96 | 0001 | MTC-00005702
Stuart, L.B. | 0001 | MTC-00012021
Stuart, Lewis B. | 0001 | MTC-00026153
Stubblefield, Rex | 0001 | MTC-00010053
Stubbs, C.A. | 0001 | MTC-00021575
Stuhler, Michael | 0001 | MTC-00014835
Stump, Christopher S. | 0002 | MTC-00001693
Stump, Jerry | 0001 | MTC-00011768
Stump, Laurie | 0001 | MTC-00021076
Stump, Mary | 0001 | MTC-00020983
Sturrock,, John | 0001 | MTC-00010129
Sturtz, Michael | 0001 | MTC-00021395
Stutts, Don | 0001 | MTC-00005201
Stutzman, Ken | 0001 | MTC-00011614
Stvelprager, Tom | 0001 | MTC-00028780
Styles, John | 0001 | MTC-00009873
Suarez, Tony | 0001 | MTC-00001260
Submarina | 0001 | MTC-00007513
Sucha, Joe and Sandy | 0001 | MTC-00010466
Sucher, Joshua | 0001 | MTC-00025436
Sudha | 0001 | MTC-00027765
Sudha | 0002 | MTC-00027805
Suenkit, Chau | 0001 | MTC-00027457
Suina, Dave | 0002 | MTC-0017646
Suitenko, Paul | 0001 | MTC-00028410
Sulander, Lee | 0001 | MTC-00015307
Sulistio, Rose | 0001 | MTC-00006676
Sullivan Harry E. B. | 0001 | MTC-00008098
Sullivan, Avonia | 0001 | MTC-00026487
Sullivan, Harold | 0001 | MTC-00026516
Sullivan, MaryAnn | 0001 | MTC-00008060
Sullivan, Sue | 0001 | MTC-00026239
Sullivan, Tim | 0001 | MTC-00024428
Sullivan, Tracey | 0001 | MTC-00013246
Sullivan, William | 0001 | MTC-00020444
Sullivant, Edwin | 0001 | MTC-00021704
Sumedinger, Paul | 0001 | MTC-00017874
Summers, Norma | 0001 | MTC-00013521
Summers, Norma | 0001 | MTC-00022718
Sumner, Richard | 0002 | MTC-00020584
Sumskis, Eugene | 0001 | MTC-00022683
Sundt, Greg | 0001 | MTC-00025557
Sunthimer, Joe | 0002 | MTC-00033257
supern1987@ aol.com | 0001 | MTC-00007746
Surcre, Dorothy | 0001 | MTC-00004823
Suter, Mark | 0001 | MTC-00014448
Suter, Pat | 0002 | MTC-00032530
Suter, Thomas | 0001 | MTC-00020915
Sutton, Jack | 0001 | MTC-00019508
Svancara, Otto | 0001 | MTC-00022439
Svec, Steven | 0001 | MTC-00012219
Svee, Larry | 0002 | MTC-00032315
Svinkelstein, Jeremy | 0001 | MTC-00022590
Swaim, Nancy | 0001 | MTC-00005270
Swank, Jeff | 0001 | MTC-00006377
Swanson, Gregory | 0001 | MTC-00022402
Swanson, Neal | 0001 | MTC-00022032
Swearengen, Audrey | 0001 | MTC-00021342
Swearenger, Audrey | 0001 | MTC-00021676
Sweeney, Thomas Arthur | 0001 | MTC-00007834
Sweet, L.J. | 0001 | MTC-00008155
Sweet, LJ | 0001 | MTC-00028012
Sweyer, Walt | 0001 | MTC-00031587
Sweyer, Walt | 0001 | MTC-00005674
Swier, Richard | 0002 | MTC-00032446
Swier, richard | 0001 | MTC-00032663
Swift, Nolan | 0002 | MTC-00033327
Swig, Franklin | 0002 | MTC-00032208
Swiggum, Thomas | 0001 | MTC-00022257
Swing, Rex | 0001 | MTC-00003388
swingc@ msn.com | 0001 | MTC-00024289
Swnorris@ attbi.com | 0001 | MTC-00004017
sword121@ hotmail.com | 0001 | MTC-00032299
Swygert, Wayne | 0001 | MTC-00027609
Syjoan@ aol.com | 0001 | MTC-00007604
Symms, Fran | 0001 | MTC-00006974
Syrdahl, Mary | 0001 | MTC-00032739
Syrjala, Loren | 0001 | MTC-00021210
Szanto, Philip | 0001 | MTC-00005783
Szczecinski, Monique | 0001 | MTC-00006773
Szeman, Janos | 0001 | MTC-00013508
Szymczak, Barry | 0002 | MTC-00031664
T.Souza/ToeNee21@ aol.com | 0001 | MTC-00014851
taa@ greensboro.com | 0001 | MTC-00017310
Tabar | 0001 | MTC-00008143
Taber, David | 0002 | MTC-00027929
Tacchi, Torello | 0001 | MTC-00020548
Tachna, Deanna | 0002 | MTC-00032922
Tackett, Richard | 0001 | MTC-00000899
Tackett, Richard | 0001 | MTC-00005196
Tackett, Richard | 0001 | MTC-00007719
Taebel, Timothy | 0001 | MTC-00004524
Taflin, Rose Marie | 0001 | MTC-00025578
Takei, Joyce | 0001 | MTC-00013884
Talarczyk, Robert | 0001 | MTC-00007516
Talbott, Robert | 0001 | MTC-00009822
Talcott, Joel | 0001 | MTC-00026795
Tallet, Jose | 0001 | MTC-00012634
Talley, Walter | 0001 | MTC-00023697
Talsma, Jay | 0001 | MTC-00023844
Talsma, Jay | 0001 | MTC-00033354
Tang, Bruce | 0001 | MTC-00015467
Tanis | 0001 | MTC-00006507
Tank, James | 0001 | MTC-00009762
Tanner, Edmund | 0001 | MTC-00010027
Tansky, Ron | 0001 | MTC-00028542
Tanuj, T. | 0001 | MTC-00027430
Taphorn, Joseph | 0002 | MTC-00033187
Tappouni, Julie | 0001 | MTC-00005894
Tarantino, Jo | 0001 | MTC-00012518
Tarr, Chris | 0001 | MTC-00006990
Tate, Ashley | 0001 | MTC-00013088
Tate, Jim | 0001 | MTC-00010065
Tate, Karl | 0001 | MTC-00015289
TateMT@ aol.com | 0001 | MTC-00010478
Tatman, Clyde | 0001 | MTC-00011594
Tavassolie, H. | 0001 | MTC-00011913
Taylor, Joel | 0001 | MTC-00020459
Taylor, Allen | 0001 | MTC-00020653
Taylor, Cameron | 0001 | MTC-00009239
Taylor, Caroline | 0001 | MTC-00006137
Taylor, Carolyn | 0001 | MTC-00013249
Taylor, Clive | 0001 | MTC-00011148
Taylor, David | 0001 | MTC-00025706
Taylor, Dewey W. | 0001 | MTC-00009245
Taylor, Drew | 0001 | MTC-00016072
Taylor, Ishmel | 0001 | MTC-00010534
Taylor, James D. | 0001 | MTC-00000570
Taylor, M ichael | 0001 | MTC-00012545
Taylor, Mike | 0001 | MTC-00010685
Taylor, Richard | 0002 | MTC-00032495
Taylor, T.E. | 0001 | MTC-00023217
Taylor, Theresa A. | 0001 | MTC-00011322
Taylor, Tom | 0001 | MTC-00021649
Taylor, Warren | 0001 | MTC-00012145
Taylor, Will | 0001 | MTC-00029618
TDavis3433@ aol.com | 0001 | MTC-00011779
Teague, Brian | 0001 | MTC-00017940
Tecklenburg, Ronald E. | 0001 | MTC-00026678
Ted | 0002 | MTC-00014056
Teddysea@ aol.com | 0001 | MTC-00011187
Tedha@ aol.com | 0001 | MTC-00003919
Tedrow, William | 0001 | MTC-00029057
Teebagy, Stephen | 0002 | MTC-00032346
Teegerstrom, Jim | 0001 | MTC-00020439
Teel, Nancy | 0001 | MTC-00021477
Teerling, Lois | 0001 | MTC-00011907
tefzel@ earthlink.net | 0001 | MTC-00028634
Teh, Wai Seen | 0001 | MTC-00010777
Teherani, Kooros | 0001 | MTC-00013277
Teicher, Sheldon | 0002 | MTC-00000196
Teixeira, Anne | 0001 | MTC-00027274
Tekakwitha.conference@ worldnet.itt.net | 0001 | MTC-00017263
telittleb@ juno.com | 0001 | MTC-00027119
Tellechea, Esther | 0002 | MTC-00029740
Teller, Ed | 0002 | MTC-00024752
Tennison, James | 0002 | MTC-00027834
Tenore, Fred | 0001 | MTC-00027909
Tenore, Terri | 0001 | MTC-00027926
Terhune, Jennifer | 0001 | MTC-00012257
Terhune, Matthew | 0001 | MTC-00012358
Tesky, Mark | 0001 | MTC-00023050
Teter, Dixon | 0002 | MTC-00019570
Teter, Dixon | 0001 | MTC-00027207
Tetrault, Elwood & Ellen | 0001 | MTC-00009793
Teuscher, Alma | 0002 | MTC-00033175
Teutsch, Michael | 0002 | MTC-00033252
TEX10101@ aol.com | 0001 | MTC-00006795
Thabet, Ernest | 0001 | MTC-00032853
Thamaraiselvan, P. | 0001 | MTC-00010560
Thatchet, Richard | 0001 | MTC-00021425
The Gallis | 0001 | MTC-00003401
The Lamoses | 0001 | MTC-00011948
Thebo, Edward and Alice | 0001 | MTC-00007147
Thelitke@ juno.com | 0001 | MTC-00026882
Theriault, Jacques | 0001 | MTC-00022483
TheSiys@ aol.com | 0001 | MTC-00007441
Thibeault, Jim | 0001 | MTC-00020442
Thibodeau, John | 0001 | MTC-00011047
Thibodeau, Mike | 0001 | MTC-00008741
Thigpen, Jamie | 0001 | MTC-00021229
Thom, Nathan | 0001 | MTC-00023265
Thomas, Bud | 0001 | MTC-00032544
Thomas, Carl | 0002 | MTC-00033226
Thomas, Eric | 0001 | MTC-00033200
Thomas, Harold | 0001 | MTC-00003230
Thomas, Jim | 0001 | MTC-00008453
Thomas, K. | 0001 | MTC-00010472
Thomas, Robin | 0001 | MTC-00010775
Thomas, Stanley W. and Nancy G. | 0001 | MTC-00014017
Thomas, Tom and Karin | 0001 | MTC-00010184
Thomas, Zane | 0001 | MTC-00019901
Thome, Mark | 0001 | MTC-00011992
Thomes, John | 0002 | MTC-00014460
Thompson, Alfred | 0002 | MTC-00020908
Thompson, Anthony | 0001 | MTC-00011738
Thompson, Barbara | 0001 | MTC-00012828
Thompson, Barbara | 0001 | MTC-00012826
Thompson, Bob | 0001 | MTC-00023227
Thompson, Bob | 0001 | MTC-00023789
Thompson, Dennis | 0001 | MTC-00006977
Thompson, Eric | 0001 | MTC-00027835
Thompson, Harold J. | 0001 | MTC-00013039
Thompson, Harry | 0001 | MTC-00014355
Thompson, James | 0001 | MTC-00012423
Thompson, James Loren | 0001 | MTC-00012516
Thompson, Jean | 0001 | MTC-00000892
Thompson, Joe | 0001 | MTC-00012362
Thompson, Loren | 0001 | MTC-00013276
Thompson, MaryAnn | 0001 | MTC-00020743
Thompson, MaryAnn | 0001 | MTC-00032744
Thompson, Patricia | 0002 | MTC-00033239
Thompson, Robert | 0001 | MTC-00013298
Thompson, Sharon | 0001 | MTC-00022962
Thompson, Sumner | 0001 | MTC-00013034
Thompson, William | 0001 | MTC-00007598
Thon, Thomas | 0001 | MTC-00006793
Thong, Neto | 0001 | MTC-00020334
Thorell, Nils | 0001 | MTC-00013346
Thorn, Fred | 0001 | MTC-00025953
Thorn, Irving | 0002 | MTC-00033233
Thornburg, Judy | 0001 | MTC-00027792
Thorne, Mister | 0001 | MTC-00005553
Thorne, Mister | 0001 | MTC-00008711
Thornton, Thomas and Beverly | 0001 | MTC-00031770
Thorton, Carl | 0002 | MTC-00033229
Thrasher, Jim | 0001 | MTC-00021008
Thrasher, Jim | 0001 | MTC-00032697
Threadgill, Cecil | 0001 | MTC-00029110
Threatt, Charles and Gayla | 0001 | MTC-00023076
Thum, David | 0001 | MTC-00029123
Thunderhead@ aol.com | 0001 | MTC-00003531
Thune, Bob | 0001 | MTC-00003322
Thune, Robert and Jan | 0001 | MTC-00010308
Thurlow, Carolyn | 0001 | MTC-00016791
Tibor, Jerry | 0004 | MTC-00001317
Tickle, Spike | 0001 | MTC-00021051
Tidwell, Ed | 0002 | MTC-00004735
Tierney, James G. | 0002 | MTC-00032143
Tile, George | 0001 | MTC-00011168
Tillerson, Leonard | 0001 | MTC-00032831
TIllerson, Leonard and Agnes | 0001 | MTC-00011007
Tillerson, Leonard and Agnes | 0002 | MTC-00032185
Tilton, Russell | 0001 | MTC-00024644
Timm, Marie | 0001 | MTC-00014046
Timmons, Jack | 0001 | MTC-00008710
Tinkham, Lynda | 0001 | MTC-00022119
Tinsley, Charles | 0001 | MTC-00020312
Tio, Debbie | 0001 | MTC-00026414
Tipton, Louis | 0001 | MTC-00020959
Tiry, David | 0001 | MTC-00012166
Tiry, David | 0001 | MTC-00009637
tj1840 | 0001 | MTC-00021591
Tjmaryhara@ aol.com | 0001 | MTC-00011987
tjok@ pocketmail.com | 0001 | MTC-00008762
Tlpcook57@ aol.com | 0001 | MTC-00006156
tmartsun@ aol.com | 0001 | MTC-00028172
Todd, Carol D. | 0001 | MTC-00001128
Todd, Charles B. | 0001 | MTC-00011429
Todd, Charlton | 0001 | MTC-00012316
Todd, Mary | 0001 | MTC-00022868
Todd, Ryan | 0001 | MTC-00016266
Tol, Hendrick | 0001 | MTC-00027030
Toland, Paul | 0001 | MTC-00012322
Tolar, James | 0001 | MTC-00022069
Tolen, harry | 0001 | MTC-00024278
Toll, Audrey | 0001 | MTC-00023259
Toll, Edward W. | 0001 | MTC-00012983
Tolson, Jonathan | 0001 | MTC-00025171
Tom and Nancy | 0001 | MTC-00009461
Tom, Judity | 0001 | MTC-00014307
Tomal, Bob | 0001 | MTC-00011650
Tomek, Barbara | 0001 | MTC-00009489
Tomesch, Dave | 0001 | MTC-00008682
Tomisak, Donald | 0001 | MTC-00006519
Tomlinson, Ronald | 0001 | MTC-00023954
Tompkins, Elise | 0001 | MTC-00023826
tom—talbot@ hotmail.com | 0001 | MTC-00028131
tonyfriednly@ iscweb.com | 0001 | MTC-00016013
Topolinski, Norma | 0001 | MTC-00022304
Toppel, Marc Alexander | 0001 | MTC-00008570
Torchia, Frank | 0001 | MTC-00020738
Torgerson, Chris | 0001 | MTC-00003348
Tormey, Pat | 0001 | MTC-00008757
Tornero, Santiago A. | 0001 | MTC-00010841
Torngren, Patricia | 0001 | MTC-00014342
Torres, Chrystal | 0001 | MTC-00027398
Torres, Sam | 0001 | MTC-00008164
Tortoriello, Mary | 0001 | MTC-00022163
Totten, Gerald | 0001 | MTC-00032682
Tovar, Carole | 0001 | MTC-00030457
Tower, Peter | 0001 | MTC-00003234
Towers, Ron | 0001 | MTC-00006397
Towle, Thomas J. | 0001 | MTC-00014234
Townley, D. M. | 0001 | MTC-00008974
Townsend, Bob | 0001 | MTC-00004062
Townsend, Carroll | 0001 | MTC-00010286
Townsend, John | 0001 | MTC-00009920
Townsend, Kenneth | 0001 | MTC-00026929
Townsend, Larry | 0001 | MTC-00008737
tpatti@ mindspring.com | 0001 | MTC-00010910
Tracey, Matt | 0001 | MTC-00009997
traines@ inforefinery | 0001 | MTC-00024772
training | 0001 | MTC-00021357
Tralmer, Len | 0001 | MTC-00007227
Trammel, Don | 0001 | MTC-00020676
Tran, Quynh | 0001 | MTC-00012785
Trapp, Wanda | 0001 | MTC-00012215
Trapp, Wanda | 0001 | MTC-00009277
Trask, Bill | 0001 | MTC-00010918
Traut, Earl W. | 0001 | MTC-00013219
Treacy, Robert | 0001 | MTC-00021173
Trees, Ray | 0001 | MTC-00010767
Trembley, Betty | 0001 | MTC-00005179
Trend, David | 0001 | MTC-00032895
Trentwolf@ aol.com | 0001 | MTC-00008256
Treppler, Marc | 0001 | MTC-00009408
Tribby, Anthony | 0002 | MTC-00001879
Trikouros, Nick | 0001 | MTC-00008293
Trill, Bud | 0001 | MTC-00022026
Tripp, Steve | 0001 | MTC-00012146
Trippe, John | 0001 | MTC-00022152
Trippe, Tina | 0001 | MTC-00021480
triquero@ prodigy.net.mx | 0001 | MTC-00004076
Trofimov, SIlvill | 0001 | MTC-00020805
Trosie, John C. | 0001 | MTC-00001019
Troth, Bruce | 0001 | MTC-00032943
Trotter, Brian | 0001 | MTC-00029004
Troy, John | 0001 | MTC-00013221
Trueblood, John | 0001 | MTC-00029193
Tschauder, Richard | 0001 | MTC-00021624
tscott | 0001 | MTC-00023986
Tsingopoulos, Diana | 0001 | MTC-00021052
Tsukernik, Alex | 0001 | MTC-00010791
Tuber, Arthur | 0001 | MTC-00005623
Tucker, Chad | 0002 | MTC-00021831
Tucker, Christine | 0002 | MTC-00032228
Tucker, Dirk | 0001 | MTC-00010489
Tucker, James | 0001 | MTC-00023755
Tudor, Chuck | 0001 | MTC-00014137
Tuggle, Carol | 0001 | MTC-00026749
Tull, Robert E. | 0001 | MTC-00008777
Tullberg, Dylan R. | 0001 | MTC-00002678
Tuma, Keith | 0001 | MTC-00009989
Tuomala, Marvin | 0001 | MTC-00023391
Turcotte, T. | 0001 | MTC-00024230
Turenne, Bill | 0001 | MTC-00032570
Turk, Matthew J. | 0001 | MTC-00019291
Turk, Michael | 0001 | MTC-00019223
Turner, Albert | 0001 | MTC-00007431
Turner, Alton | 0002 | MTC-00032221
Turner, Bob and Pattie | 0001 | MTC-00005681
Turner, Debbie | 0001 | MTC-00013729
Turner, Frances | 0001 | MTC-00013002
Turner, James | 0001 | MTC-00013046
Turner, Marty | 0001 | MTC-00009901
Turner, Sean | 0002 | MTC-00026286
Turnipseed, Matt | 0001 | MTC-00015158
Turro, Louis | 0002 | MTC-00032436
Turton, Fritz | 0001 | MTC-00005728
Turza, Gregory | 0001 | MTC-00019393
Tustis, Steve | 0001 | MTC-00013060
Tuttle, Dino M. | 0001 | MTC-00011580
Tweed, Woody | 0001 | MTC-00011766
Twomellie@ aol.com | 0001 | MTC-00000843
TWOROME@ aol.com | 0001 | MTC-00007727
Txexperiment@ co.com | 0002 | MTC-00008485
Tyler, Henry W. | 0001 | MTC-00025986
Tyler, Norton | 0001 | MTC-00014853
Tyner, John | 0001 | MTC-00017040
Tyutereva, Irine | 0003 | MTC-00026975
Ubaldi, Michael | 0001 | MTC-00009535
Uber, Jack | 0001 | MTC-00000682
Uhlich, Neal | 0001 | MTC-00027287
Ukena, Meta | 0001 | MTC-00010949
Ullenguen, Walter | 0001 | MTC-00005123
Ullman, James Mitchell | 0002 | MTC-00009883
Ulrich, Bob | 0001 | MTC-00009180
Ulrich, Donna | 0001 | MTC-00009781
Ulsh, Donald | 0001 | MTC-00012964
Ulstad, Gary | 0001 | MTC-00010287
Union, David | 0003 | MTC-00019879
Unrig, Barbara L. | 0001 | MTC-00009617
Upton, David | 0001 | MTC-00032929
Urban, Kathryn | 0001 | MTC-00005983
Urquhart, Doris | 0001 | MTC-00024044
User9679@ aol.com | 0001 | MTC-00008765
UserIn6304 | 0001 | MTC-00005752
Utter, Kaylie | 0001 | MTC-00007316
Vacalebre, Claudio | 0001 | MTC-00011202
Vail, Chap | 0001 | MTC-00007537
Valder, Deanna | 0001 | MTC-00021091
Valdes-Fauli, Dora | 0002 | MTC-00029737
Valdes-Fauli, Raul | 0002 | MTC-00029735
Valencia, Milo | 0001 | MTC-00009485
Valenzuela, Ernie | 0001 | MTC-00006747
Valero, Ken | 0001 | MTC-00027961
Van Alstyne, Clarence | 0002 | MTC-00033176
Van Bergen, Brian | 0001 | MTC-00032742
Van Caneghem, Ignace | 0002 | MTC-00019117
Van Curen, Nathan | 0001 | MTC-00000888
Van De Water, Alice | 0001 | MTC-00011330
Van Deweghe, Joseph | 0001 | MTC-00013887
Van Hare, James | 0001 | MTC-00023620
Van Hengel, Peter | 0001 | MTC-00006958
Van Horn, Lewis | 0001 | MTC-00012318
Van Huss, Phyllis | 0001 | MTC-00010951
Van Keuren, Mildred | 0002 | MTC-00033060
VanAntwerp, Nancy | 0001 | MTC-00012999
VanAntwerp, Nancy | 0001 | MTC-00020998
Vance, Lynn | 0001 | MTC-00022903
Vandekieft, Ellen | 0001 | MTC-00026339
Vandenberg, Steven | 0001 | MTC-00014176
Vandenboom, Ronald | 0001 | MTC-00010096
Vander Hart, Robert | 0001 | MTC-00021904
Vanderburg, Harry | 0001 | MTC-00017268
Vandergrift, Steve | 0001 | MTC-00029493
Vanderheide, Ryan | 0001 | MTC-00026273
VanderPyle, Nicholas | 0001 | MTC-00027881
Vanderwalker, John | 0001 | MTC-00013250
Vanderwalker, Sheryl | 0001 | MTC-00012330
VanDyke, Merle | 0001 | MTC-00009938
VanDyke, Stuart | 0002 | MTC-00032197
VanNess, Rosaline | 0001 | MTC-00011734
Vanover, Steve | 0001 | MTC-00023340
VanSpanje, Erich | 0001 | MTC-00023314
VanZwol, Ted | 0001 | MTC-00011988
Vasily | 0001 | MTC-00023928
Vastlik, Donald | 0001 | MTC-00021678
Vaughan, Dan | 0001 | MTC-00004297
Vaughan, Dan | 0001 | MTC-00005854
Vaughan, Jim | 0001 | MTC-00010769
Vaughan, Rose Mary | 0001 | MTC-00012354
Vaughn, Latricia | 0001 | MTC-00021870
Vaughn, Mary | 0002 | MTC-00033183
Vavra, Robert | 0001 | MTC-00027173
Vazquez, Ives Frank | 0001 | MTC-00003334
Vega, Ben | 0001 | MTC-00012072
Vela, M.A. | 0002 | MTC-00030832
Velie, Jeanne | 0001 | MTC-00007371
Velso, Vivek | 0003 | MTC-00009419
Venable, Bruce | 0001 | MTC-00024501
Venable, Peggy | 0001 | MTC-00032565
Venable, Peggy | 0001 | MTC-00032731
Venables, Fred | 0001 | MTC-00002557
Vengrow, M ichael | 0001 | MTC-00029434
Venkatesalu, Rajagopal | 0001 | MTC-00011382
Venske, Mike | 0001 | MTC-00019882
Verane, Frank | 0001 | MTC-00020879
Verbrugge, Gerard | 0001 | MTC-00011191
Verdy, Phillppe | 0002 | MTC-00025802
verell@ rahab.net | 0001 | MTC-00017267
verell@ rahab.net | 0001 | MTC-00017266
verell@ rahab.net | 0001 | MTC-00024762
Vernor, Karen | 0001 | MTC-00012986
VerPlanck, Billy | 0001 | MTC-00011434
Vert, Alex | 0001 | MTC-00010021
Vert, Alex | 0001 | MTC-00012319
Vertz, David | 0001 | MTC-00032958
Vettraino, Jude | 0001 | MTC-00032412
Vezzani, Federico | 0001 | MTC-00010944
VHSchiller@ aol.com | 0001 | MTC-00006106
Vibrandt, Carl | 0001 | MTC-00023713
Vick, Nathan | 0001 | MTC-00008704
Vickers, Al | 0001 | MTC-00023692
Vida, Aros | 0001 | MTC-00027927
Vidikan, Lisa | 0001 | MTC-00022188
Vier, Alan | 0001 | MTC-00010593
Viken | 0001 | MTC-00005638
Vilensky, Eugene | 0002 | MTC-00010684
Villaneuva, Mario | 0001 | MTC-00011869
Villanova, Robert | 0001 | MTC-00022585
Villanova, Ronald | 0001 | MTC-00023210
Villar, Ricardo | 0001 | MTC-00020920
vince1@ bignet.net | 0001 | MTC-00013826
Vincent, Bret | 0001 | MTC-00020511
Vinella, Gerald | 0001 | MTC-00032560
Vinkhuyzen, Onno | 0001 | MTC-00002564
viq-guilter@ hotmail.com | 0001 | MTC-00017253
Viramontes, Wendy | 0001 | MTC-00010483
Virkler, Mark | 0001 | MTC-00009976
Viscott, Jon | 0001 | MTC-00010848
VM | 0002 | MTC-00001348
Vogel, Bill and Jean | 0001 | MTC-00021457
Vogel, Morton M. | 0001 | MTC-00028787
Vogle, Nicole | 0001 | MTC-00024109
Vogrin, George | 0002 | MTC-00033079
Vogt, Robert A. | 0001 | MTC-00012046
Vollmer, David | 0001 | MTC-00016396
Volner, Allison | 0002 | MTC-00032270
Von Hardenberg, Paul W. | 0001 | MTC-00006822
Von Hoffman, Jennifer | 0001 | MTC-00017106
Von Hohenleiten, Nancy T. | 0001 | MTC-00008469
Von WPrttemberg, Adolf | 0001 | MTC-00004498
Vorias, Anthony | 0001 | MTC-00007925
Vrede, Keith | 0001 | MTC-00029082
Vreeland, Thomas | 0001 | MTC-00026295
Vrzalik, Joseph | 0002 | MTC-00033091
Vyas, Samir | 0002 | MTC-00032879
Vygr13@ aol.com | 0011 | MTC-00013935
Wade, Daren | 0002 | MTC-00033278
Wade, Rachel | 0001 | MTC-00012315
Wade, Thomas A. | 0001 | MTC-00006733
Wade, Tracey | 0001 | MTC-00003902
Wadhwani, Ash | 0001 | MTC-00002029
Waechter, gail | 0001 | MTC-00011871
Waed, Melvin | 0002 | MTC-00032475
Wagenseil, John | 0001 | MTC-00006441
Waggener, Paul | 0001 | MTC-00021853
Waggoner, Bob | 0001 | MTC-00006435
Waggoner, Theresa | 0001 | MTC-00006659
Wagner, Gary | 0001 | MTC-00012670
Wagner, John | 0001 | MTC-00010062
Wagner, Joyce | 0001 | MTC-00007939
Wagner, Richard | 0001 | MTC-00023343
Wagner, Robert | 0001 | MTC-00024393
Wahl, Allene | 0001 | MTC-00026645
Waid, Herbert | 0001 | MTC-00012988
Waite, Larry | 0001 | MTC-00021839
Waite, Maureen | 0001 | MTC-00021603
Wak, Fig | 0001 | MTC-00026870
waldcwil@ bellsouth.net | 0001 | MTC-00028179
Waldman, Craig | 0001 | MTC-00028554
Waldo, Carolyn | 0001 | MTC-00006700
Waldrop, Myrong | 0001 | MTC-00022704
Walenga, Carol | 0001 | MTC-00020694
Waligunda, Robert | 0001 | MTC-00023473
Walker, Bob | 0002 | MTC-00032541
Walker, Brian | 0001 | MTC-00014450
Walker, Jesse | 0001 | MTC-00014268
Walker, John | 0001 | MTC-00004497
Walker, John and Sandee | 0001 | MTC-00024693
Walker, Kathryn | 0001 | MTC-00020981
Walker, Kirk | 0001 | MTC-00022428
Walker, Lisa | 0001 | MTC-00032781
Walker, Mark | 0001 | MTC-00013257
Walker, Michael | 0001 | MTC-00032675
Walker, Myrtice | 0001 | MTC-00012323
Walker, Pat | 0002 | MTC-00003536
Walker, Paul | 0002 | MTC-00033075
Walker, Peg and Phil | 0001 | MTC-00010857
Walker, Richard | 0001 | MTC-00032579
Walkup, Thane | 0001 | MTC-00017580
Wall, Betty W. | 0001 | MTC-00006420
Wallace, Bill | 0001 | MTC-00008144
Wallace, David | 0001 | MTC-00026540
Wallace, Donna | 0001 | MTC-00012459
Wallace, Robert | 0001 | MTC-00005912
Wallace, Virginia | 0001 | MTC-00006678
Waller, Kevin | 0001 | MTC-00023893
Walling, Donald | 0001 | MTC-00032785
Walsh, Edward | 0002 | MTC-00032912
Walsh, Joan | 0002 | MTC-00032498
Walsh, Mark | 0002 | MTC-00004027
Walter, Mary Ann | 0001 | MTC-00011504
Walter, Udo | 0001 | MTC-00023568
Walters, Bob | 0001 | MTC-00011562
Walters, Scott | 0002 | MTC-00004732
Walth, Christin | 0002 | MTC-00032292
Wanono, Eric | 0001 | MTC-00011662
Ward, Barbara | 0001 | MTC-00022007
Ward, Barbara | 0001 | MTC-00029321
Ward, Brian | 0001 | MTC-00008771
Ward, Christopher | 0001 | MTC-00014078
Ward, Patrick A. | 0001 | MTC-00014039
Ward, Richard | 0001 | MTC-00022350
Warn, James | 0001 | MTC-00032776
Warnack, Michael | 0001 | MTC-00017987
Warner, Arden | 0001 | MTC-00008082
Warner, Fran | 0001 | MTC-00019272
Warren, Andrew | 0001 | MTC-00010314
Warren, Andrew | 0001 | MTC-00021880
Warren, Andrew | 0002 | MTC-00032219
Warren, Douglas | 0002 | MTC-00032350
Warren, Jerry | 0001 | MTC-00012971
Warrensford, Dan | 0001 | MTC-00011532
Washburn, Nelson | 0001 | MTC-00009192
Washington, Will | 0001 | MTC-00021087
Waszewski, John | 0001 | MTC-00028862
Wate, Tyler | 0001 | MTC-00032946
Waterman, Jason | 0001 | MTC-00016908
Waters, Kylie | 0002 | MTC-00032318
Wathen, Eugene | 0001 | MTC-00031249
Wather, Frederick and Coleen | 0001 | MTC-00026043
Watkins, Angela | 0001 | MTC-00011061
Watkins, Nancy H. | 0001 | MTC-00031241
Watkins, Travis | 0002 | MTC-00021767
Watson, David | 0001 | MTC-00029215
Watson, Edward | 0001 | MTC-00029442
Watson, Richard | 0001 | MTC-00005222
Waulk, Van B. | 0001 | MTC-00020430
wchsr@ bellatlantic.net | 0001 | MTC-00010915
Weaver, John | 0001 | MTC-00022692
Weaver, Judyth | 0001 | MTC-00027950
Weaver, Mary C. | 0001 | MTC-00021731
Weaver, Pete | 0001 | MTC-00020672
Weaver, Timothy | 0001 | MTC-00023366
Webb, Kathleen | 0001 | MTC-00027561
Webb, Marc | 0001 | MTC-00021538
Webb, Wilfred | 0001 | MTC-00023679
Webber, ernest Paul | 0001 | MTC-00028798
Weber, Ken | 0001 | MTC-00022079
Weber, Lucille | 0001 | MTC-00020544
Weber, M. | 0001 | MTC-00011885
Weber, Robert and Vivian | 0001 | MTC-00011815
Weber, Sandra | 0001 | MTC-00011836
Weberg, Christopher | 0001 | MTC-00024123
Webert, James | 0002 | MTC-00010321
Webster, June W. | 0001 | MTC-00014244
Weckbacher, Dale | 0001 | MTC-00023891
Wedekind, Al | 0001 | MTC-00008810
Wedekind, Al | 0001 | MTC-00012098
Wedlake, Cathleen | 0001 | MTC-00009389
Weekley, Michael | 0001 | MTC-00032712
Weeks, Donald | 0001 | MTC-00022688
Wegener, Brian | 0001 | MTC-00013507
Wegman, Michael | 0001 | MTC-00032700
Wehrle, Robert | 0001 | MTC-00013059
Weiblen, Michael | 0001 | MTC-00022675
Weichold, Barbara | 0001 | MTC-00022137
Weiderholt, Adam | 0002 | MTC-00032341
Weidner, Larry | 0001 | MTC-00006970
Weigle, Matthew | 0001 | MTC-00024442
Weijanzhang@ hotmail.com | 0001 | MTC-00027769
Weiner, Mildred | 0001 | MTC-00008182
Weinman, Merle | 0001 | MTC-00009357
Weinzierl, Bill | 0001 | MTC-00009267
Weir, John | 0002 | MTC-00033306
Weis, Gordon F. | 0001 | MTC-00006216
Weis, John | 0001 | MTC-00009240
Weisel, John T. | 0001 | MTC-00009299
Weiss, Chris | 0001 | MTC-00025551
Weiss, Christina | 0001 | MTC-00029108
Welch, Dick | 0001 | MTC-00011479
Welch, George | 0001 | MTC-00004035
Welch, Jeff | 0001 | MTC-00021075
Welch, Thomas | 0001 | MTC-00012449
Wellens, Jane | 0001 | MTC-00027903
Welling, Benton | 0002 | MTC-00032199
Welling, Mike | 0001 | MTC-00023092
Welling, Mike | 0002 | MTC-00032483
Wellons, Melvin | 0001 | MTC-00021640
Wells, Lon | 0002 | MTC-00033258
Wells, Lynda | 0001 | MTC-00012099
Welsch, Kit | 0001 | MTC-00006557
Welsh, Judith | 0001 | MTC-00008328
Welshong, Linda | 0002 | MTC-00008170
Welter, Don | 0001 | MTC-00027153
Welter, Don | 0001 | MTC-00013977
Wendling, Lonnie | 0001 | MTC-00012325
Wendling, Lonnie | 0001 | MTC-00021584
Wendt@ research.buffalo.edu | 0001 | MTC-00027689
Wenger, Constance S. | 0001 | MTC-00013572
Wenigman, Ed | 0001 | MTC-00021752
Weot, Jeff and September | 0001 | MTC-00014016
Werkmeister, Rick | 0001 | MTC-00003301
Werle, Donald | 0002 | MTC-00033145
Werner, Keith | 0001 | MTC-00031695
Werner, Leonard | 0001 | MTC-00003071
Werner, Robert A. | 0001 | MTC-00010337
Wernicki, Michael W. | 0001 | MTC-00019070
Wernli, Josef | 0001 | MTC-00007347
Wertz, William | 0001 | MTC-00008044
Wesalake, W. Craig | 0001 | MTC-00010667
Wesimeyer, J. | 0002 | MTC-00024940
Wessman, Lyn | 0002 | MTC-00009285
West, Brian | 0001 | MTC-00007595
West, Charles | 0001 | MTC-00008585
West, Christina | 0001 | MTC-00017950
West, Frank | 0001 | MTC-00029294
Westberg, Robert | 0001 | MTC-00008713
Westerman, Damian | 0001 | MTC-00020921
Westlake, Craig W. | 0001 | MTC-00023294
Westlake, Jason | 0001 | MTC-00027319
Weston, Carole | 0001 | MTC-00014638
Weston, Gerald | 0001 | MTC-00007933
Weston, J. K. | 0004 | MTC-00032604
Wetherhold, Kent W. | 0001 | MTC-00008598
Wethington, Nancy | 0001 | MTC-00012687
Weukbacher, Dale | 0001 | MTC-00033386
Weyand, Shirley | 0001 | MTC-00023331
Whalen, Patrick | 0002 | MTC-00032235
Whalen, Patrick | 0002 | MTC-00032927
Whaley, Ralph | 0001 | MTC-00008601
Whaley, Ralph C. | 0001 | MTC-00014421
Wharton, Barbara | 0001 | MTC-00023471
Wharton, Michael | 0002 | MTC-00019566
Whatley, James | 0001 | MTC-00033036
Wheeldon, Kathy | 0001 | MTC-00021188
Wheeler, Charles | 0001 | MTC-00021117
Wheeler, Donna | 0001 | MTC-00022770
Wheeler, Nancy | 0001 | MTC-00024969
Wheeler, Peggy | 0001 | MTC-00014073
Whineya@ aol.com | 0001 | MTC-00012757
Whitaker, Susan | 0001 | MTC-00014359
Whitaker, Susan | 0001 | MTC-00009964
White, Bob | 0002 | MTC-00032516
White, carson | 0001 | MTC-00024886
White, Charles | 0001 | MTC-00012332
White, Charles | 0002 | MTC-00033155
White, David | 0001 | MTC-00012794
White, Don and Rachel | 0001 | MTC-00022441
White, James | 0001 | MTC-00010752
White, John | 0001 | MTC-00012517
White, John and Doris | 0001 | MTC-00009453
White, Judy | 0001 | MTC-00013304
White, Lynne | 0001 | MTC-00020329
White, Michael | 0001 | MTC-00012455
White, N. | 0006 | MTC-00008779
White, Randy | 0001 | MTC-00009230
White, Reed | 0001 | MTC-00017752
White, Sarah | 0001 | MTC-00014153
White, Sue | 0001 | MTC-00007539
White, Vernon | 0002 | MTC-00033087
Whitehorn, Sue | 0001 | MTC-00025304
Whitehouse, Elaine | 0001 | MTC-00014858
Whitley, Jeannette | 0001 | MTC-00033014
Whitley, Sharon | 0001 | MTC-00020970
Whitmarsh, Douglas | 0001 | MTC-00010778
Whitmore, Bernard | 0001 | MTC-00031016
Whitson, John | 0002 | MTC-00015362
Whitten, Doyle E. | 0001 | MTC-00011271
Whitten, Doyle E. | 0001 | MTC-00005159
Whittington, Jason | 0001 | MTC-00018077
Whittle, Buzz | 0001 | MTC-00006620
Wice, Joyce | 0002 | MTC-00032237
Wickland, Connie | 0001 | MTC-00010788
Widmer, Jack | 0001 | MTC-00021951
Wiggers, Don | 0001 | MTC-00022980
Wight, Matthew | 0001 | MTC-00018930
wilbertg@ home.com | 0001 | MTC-00010463
Wilburn, Darryl | 0001 | MTC-00004129
Wilcox, Jan | 0001 | MTC-00020640
Wildavsky, Adam | 0001 | MTC-00028731
Wilder, John | 0001 | MTC-00011666
WILENSD@ aol.com | 0001 | MTC-00009033
Wiles, Jerry | 0001 | MTC-00022588
Wiles, Lloyd | 0001 | MTC-00026902
Wiley, Bob | 0002 | MTC-00010494
Wiley, Wilbur W. | 0001 | MTC-00010959
Wilford, Renate | 0001 | MTC-00028929
Wilkerson, Michael C. | 0001 | MTC-00015821
Wilkins, Carol | 0001 | MTC-00009402
Wilkins, Chris | 0002 | MTC-00006428
Wilkinson, Don | 0001 | MTC-00010081
Wilkinson, Don | 0001 | MTC-00013301
Will, Irene | 0001 | MTC-00032882
Willard, Georgia | 0001 | MTC-00012548
Willes, Jeremy T. | 0001 | MTC-00002863
Willett, Richard | 0001 | MTC-00025158
Willey, Eugene L. | 0001 | MTC-00000801
Willey, Eugene L. | 0001 | MTC-00000811
Willey, Roger | 0001 | MTC-00021101
Willhauck, Christine | 0001 | MTC-00011938
William, Meng | 0001 | MTC-00026068
William, Peggy | 0001 | MTC-00024361
williamandgwenfisk@ msn.com | 0001 | MTC-00028133
Williams, Bill | 0001 | MTC-00020415
Williams, Bill | 0001 | MTC-00008154
Williams, Celia | 0001 | MTC-00023238
Williams, Connie | 0002 | MTC-00005171
Williams, Daryl | 0001 | MTC-00004136
Williams, David | 0001 | MTC-00032803
Williams, David | 0001 | MTC-00003888
Williams, David | 0001 | MTC-00006152
Williams, Diane | 0002 | MTC-00033236
Williams, Don | 0001 | MTC-00028259
Williams, Emmett | 0002 | MTC-00032452
Williams, Everett | 0001 | MTC-00006746
Williams, Frank | 0001 | MTC-00013522
Williams, Fred | 0001 | MTC-00012430
Williams, Gene | 0002 | MTC-00010323
Williams, Harold | 0001 | MTC-00022283
Williams, Janet | 0001 | MTC-00012474
Williams, Jim | 0001 | MTC-00021086
Williams, John G. | 0001 | MTC-00029194
Williams, Kevin | 0001 | MTC-00018773
Williams, Kevin | 0001 | MTC-00006514
Williams, Larry | 0001 | MTC-00023632
Williams, LouElla B. | 0001 | MTC-00009248
Williams, Mark | 0001 | MTC-00010230
Williams, Mark | 0001 | MTC-00014423
Williams, Martin | 0001 | MTC-00003598
Williams, Mary | 0001 | MTC-00012439
Williams, Michael | 0001 | MTC-00032576
Williams, Michael | 0001 | MTC-00022012
Williams, Patricia | 0001 | MTC-00022876
Williams, Penney | 0001 | MTC-00010850
Williams, Randy | 0001 | MTC-00009714
Williams, Ron | 0001 | MTC-00023734
Williams, Ronald | 0001 | MTC-00012484
Williams, Tom | 0001 | MTC-00000491
Williams, Tyler | 0002 | MTC-00012701
Williams, Viki | 0001 | MTC-00028898
Williamson, A.E. | 0001 | MTC-00010093
Willig, Noreen | 0001 | MTC-00028580
Willingham, Sheron | 0001 | MTC-00011873
Willis, Charmane | 0001 | MTC-00022554
Willis, Sandra | 0001 | MTC-00011908
willo@ pillars.net | 0001 | MTC-00028116
Willson, Dean | 0002 | MTC-00033318
Wilmouth, Mary | 0001 | MTC-00024107
Wilson, Ben | 0001 | MTC-00017529
Wilson, Brian | 0001 | MTC-00021946
Wilson, Daren Scott | 0001 | MTC-00009136
Wilson, Dick | 0001 | MTC-00032669
Wilson, Glenda | 0001 | MTC-00013234
Wilson, Jack | 0001 | MTC-00026968
Wilson, James | 0001 | MTC-00014118
Wilson, John | 0001 | MTC-00032750
Wilson, Joy | 0001 | MTC-00012253
Wilson, Justin | 0002 | MTC-00018105
Wilson, Karin | 0001 | MTC-00032838
Wilson, Laverne | 0001 | MTC-00012076
Wilson, Leon A. | 0001 | MTC-00028428
Wilson, Louise | 0001 | MTC-00023671
Wilson, Mary | 0001 | MTC-00022434
Wilson, Pat | 0001 | MTC-00013085
Wilson, Rex | 0001 | MTC-00012271
Wilson, Roseanne | 0001 | MTC-00006661
Wilson, Veta | 0001 | MTC-00021070
Wilt, Barbara | 0001 | MTC-00032634
Wilt, Ralph | 0001 | MTC-00013514
Wimberly | 0002 | MTC-00030433
Wimberly, Winnette | 0001 | MTC-00020984
Winarsky, David | 0001 | MTC-00008581
Windham, Steve | 0001 | MTC-00007588
Windham, Trace | 0001 | MTC-00005046
Windle, Bob | 0001 | MTC-00013510
Wine, James | 0001 | MTC-00010562
Winger, Maurean | 0001 | MTC-00022907
Winick, Dorothy | 0001 | MTC-00022260
Winkler, Richard | 0002 | MTC-00026587
Winn, Ray | 0001 | MTC-00011289
Winski, Mike | 0001 | MTC-00009061
Winston, Courtney | 0001 | MTC-00019130
Winston, Sandy | 0001 | MTC-00021612
Winter, Fred P. | 0001 | MTC-00027363
Wiot, Barbara | 0001 | MTC-00011935
Wipf, Rowen | 0001 | MTC-00020953
Wires, Don | 0001 | MTC-00001033
Wise, Colleen | 0002 | MTC-00033005
Wisler, Norman. E | 0001 | MTC-00009056
Wiss, Donna | 0001 | MTC-00013216
Wisz, Thomas | 0001 | MTC-00022112
Witek, Paul | 0001 | MTC-00024270
Withrow, Gary | 0001 | MTC-00011812
Withrow, Jason | 0002 | MTC-00009220
Withrow, Lynn | 0001 | MTC-00010220
Witt, Gerald | 0001 | MTC-00020948
Wittekind, Carl | 0002 | MTC-00032210
Wittorff, Laura | 0001 | MTC-00021533
Witwer, David | 0001 | MTC-00022383
Witwicki, Brian | 0001 | MTC-00013509
Witwicki, Brian | 0001 | MTC-00020717
Wizner, William G. | 0001 | MTC-00010273
wladimir.nedo@ ps.ge.com | 0001 | MTC-00010808
wlwjones@ hotmail.com | 0001 | MTC-00024280
Wobster, James | 0001 | MTC-00009936
Woelke, Jennifer | 0001 | MTC-00021654
Wofford, Mary | 0001 | MTC-00032830
Wojcik, Greg | 0001 | MTC-00027276
Wojtowicz, Joseph | 0001 | MTC-00012268
Wojtowicz, Joseph | 0001 | MTC-00029374
Wolbert, Daniel | 0001 | MTC-00006113
Woldt, Larry | 0001 | MTC-00010092
Wolf, Dolores | 0001 | MTC-00024598
Wolf, M. | 0001 | MTC-00016020
Wolf, Marilyn | 0001 | MTC-00026304
Wolf, Marilyn | 0001 | MTC-00026318
Wolf, Ruthanna | 0001 | MTC-00021177
Wolf, Steve | 0001 | MTC-00032968
Wolf1597 | 0001 | MTC-00025863
Wolfe, Glenn | 0001 | MTC-00013511
Wolfe, Jeff | 0001 | MTC-00014126
Wolfe, Richard | 0001 | MTC-00012642
Wolfe, Robert | 0001 | MTC-00007345
Wolff, Andrew | 0001 | MTC-00025268
Wolff, Ron | 0001 | MTC-00023389
Wollenhaupt, Mary | 0001 | MTC-00010218
Womack, Brenda | 0001 | MTC-00023404
Womakc, Robert | 0001 | MTC-00020194
Wondess, Charlotte | 0002 | MTC-00032426
Wong, David | 0001 | MTC-00007309
Wood, Charles | 0001 | MTC-00009542
Wood, Chris | 0001 | MTC-00010541
Wood, Chris | 0001 | MTC-00011557
Wood, Chuck and Betty | 0001 | MTC-00013014
Wood, James | 0001 | MTC-00022049
Wood, James | 0001 | MTC-00025563
Wood, Joe R. | 0001 | MTC-00022633
Wood, Joe R. Jr. | 0001 | MTC-00028949
Wood, Manni | 0001 | MTC-00012606
Wood, Sharon | 0001 | MTC-00029232
Woodcook, Jay | 0001 | MTC-00020816
Woodmarsee, Ken | 0001 | MTC-00010452
Woodress, Polly A. | 0002 | MTC-00013081
Woodruff, Herb | 0001 | MTC-00023206
Woods, Christopher | 0001 | MTC-00032864
Woods, Elizabeth | 0001 | MTC-00027635
Woods, Linda | 0001 | MTC-00032720
Woods, Mike | 0001 | MTC-00004904
Woods, Penny | 0001 | MTC-00013036
Woodworth, Quinn | 0001 | MTC-00008185
Woody, Robert | 0002 | MTC-00033054
Woolever, Bill | 0001 | MTC-00021175
Woolley, John | 0001 | MTC-00027782
Worden, Charlotte | 0002 | MTC-00032599
Worden, Charlotte | 0002 | MTC-00032884
Worder, Howard and Kay | 0001 | MTC-00011900
Worrell, Tommy | 0001 | MTC-00025660
Wrancher, Elizabeth | 0001 | MTC-00013206
Wray, Carol | 0001 | MTC-00029327
Wray, Richard | 0001 | MTC-00009845
Wren, Rodney M. | 0001 | MTC-00007463
Wright, Adelyn | 0001 | MTC-00022041
Wright, Andrew | 0001 | MTC-00018712
Wright, Bill | 0001 | MTC-00014020
Wright, Craig W. | 0001 | MTC-00003277
Wright, Gary | 0001 | MTC-00025886
Wright, Jeff | 0001 | MTC-00024902
Wright, Jim A. | 0001 | MTC-00028132
Wright, Joe | 0003 | MTC-00017108
Wright, Jonathan | 0001 | MTC-00010080
Wright, Kirg | 0001 | MTC-00025584
Wright, Kodi | 0001 | MTC-00024727
Wright, Lori | 0002 | MTC-00032212
Wright, Nancy | 0001 | MTC-00025583
Wright, Robert | 0001 | MTC-00013071
Wright, Robert C. and Susan V | 0001 | MTC-00012006
Wright, Russ | 0001 | MTC-00005003
Wright, Sandra | 0001 | MTC-00025343
Wright, Tom | 0001 | MTC-00020637
Wright, Tony | 0001 | MTC-00023602
Wright, William | 0001 | MTC-00011858
Wronkiewicz, Thaddeus | 0001 | MTC-00025670
wserr@ hotmail.com | 0001 | MTC-00010937
wsnipes72@ hotmail.com | 0001 | MTC-00013840
wt.catch1 | 0001 | MTC-00021815
wt.catch1 | 0001 | MTC-00022108
Wuelper, Kurt | 0001 | MTC-00032616
Wunschel, Alan | 0001 | MTC-00028877
Wusinich, John | 0001 | MTC-00022967
Wuthrich, Paul | 0001 | MTC-00005878
www.aneycourt@ aol.com | 0001 | MTC-00015973
Wyatt, Dick | 0001 | MTC-00010607
Wyatt, James | 0001 | MTC-00029033
Wyatt, R. Herschel | 0001 | MTC-00032755
Wydock, Lawrence R. | 0001 | MTC-00026044
Wyhowanec, Betty | 0001 | MTC-00012262
Wymore, Frank | 0001 | MTC-00023038
Wyskiel, Matt | 0001 | MTC-00006049
Yablonsky, George | 0002 | MTC-00033197
Yadegar, Pouya | 0001 | MTC-00010297
Yamamoto, Harry | 0001 | MTC-00028906
Yanez | 0001 | MTC-00015910
Yang, Dragon | 0001 | MTC-00003155
Yanya, Adi Ben | 0001 | MTC-00010676
Yarnell, Dominique | 0001 | MTC-00014621
Yarrington, Floyd | 0001 | MTC-00012680
Yate, Bo | 0001 | MTC-00008824
Yates, Jeff | 0001 | MTC-00009517
Yates, Joseph | 0001 | MTC-00013256
Yates, Joseph | 0002 | MTC-00032168
Yates, Paul | 0001 | MTC-00023490
Yeakel, Martha | 0001 | MTC-00023042
Yeled@ vulcanised.adc.rmit.edu.av | 0001 | MTC-00019836
Yerby, Doug | 0001 | MTC-00025865
Yetter, Kenneth | 0001 | MTC-00033018
Yochum, Richard | 0001 | MTC-00006721
Yochum, Richard | 0001 | MTC-00011527
Yocum, William | 0001 | MTC-00028522
Yodex, Jay and Traci | 0001 | MTC-00020943
Yohman, Chance | 0002 | MTC-00008404
York, Steven | 0001 | MTC-00022723
York, Timothy | 0001 | MTC-00023374
York, Timothy C. | 0001 | MTC-00029252
Younce, Barry | 0001 | MTC-00010754
Young, Danny | 0002 | MTC-00031050
Young, David | 0001 | MTC-00028646
Young, Derek | 0002 | MTC-00017958
Young, Don | 0001 | MTC-00029148
Young, Gary | 0001 | MTC-00001666
Young, Gregory | 0003 | MTC-00001917
Young, Robert and Linda | 0001 | MTC-00007206
Young, Sally | 0001 | MTC-00012202
Youngblood, Neil | 0001 | MTC-00000744
Youngblood, Peggy | 0001 | MTC-00012089
Youngman, Anthony | 0001 | MTC-00020333
Youngs, Gregory | 0002 | MTC-00001226
yourwishes@ izk.com | 0001 | MTC-00017300
Yurczyk, Roger | 0001 | MTC-00029023
Z, Nathan | 0001 | MTC-00003438
Zachgo, Dawn M. | 0001 | MTC-00029634
Zagzebski, Ken | 0001 | MTC-00003091
Zambrano, John | 0001 | MTC-00010947
Zamrok, Thomas | 0001 | MTC-00012277
Zapolski, Karen | 0001 | MTC-00021453
Zappavigna, Alex | 0001 | MTC-00024531
Zardeskas, R. | 0001 | MTC-00003934
Zardetto, Giacamo | 0001 | MTC-00005649
Zegelien, Jon | 0001 | MTC-00000890
Zehnder, John | 0002 | MTC-00009981
Zeitler, Betty | 0001 | MTC-00020280
Zeitlin, bill | 0002 | MTC-00033123
Zellar, Gerald | 0001 | MTC-00012314
Zeller, Verne | 0001 | MTC-00022176
Zemne | 0001 | MTC-00003956
Zemne | 0001 | MTC-00012393
Zengel, James | 0002 | MTC-00033169
Zengel, Karl | 0002 | MTC-00033143
Zhang, Min | 0001 | MTC-00007554
Zickefoose, David | 0001 | MTC-00011360
Zickefoose, David | 0001 | MTC-00020547
Zickefoose, David | 0002 | MTC-00032524
Ziebell, John | 0002 | MTC-00000019
Ziegler, Frank | 0002 | MTC-00033150
Ziegler, Laura | 0001 | MTC-00013262
Ziemian, Joe | 0001 | MTC-00006395
Ziff, Herbert | 0002 | MTC-00033283
Zimmer, Art | 0001 | MTC-00020336
Zimmer, Jim | 0001 | MTC-00007288
Zimmerman, Jan | 0001 | MTC-00022500
Zimmerman, Roger | 0002 | MTC-00026169
Zipfel, Bill | 0001 | MTC-00010829
Zirkel, Louis D. | 0001 | MTC-00019966
Zitek, Jim | 0001 | MTC-00012211
Zoffel, Joan M. | 0001 | MTC-00014063
Zuschlag, Mary | 0001 | MTC-00012479
Zylanoff, Phillipa | 0001 | MTC-00014085
Zynski, Bud | 0001 | MTC-00009122

3. Express an Overall View of the Revised Proposed Final Judgment, but Offer No Analysis

Name | Number of pages | Unique number
1157587@ concentric.net | 0001 | MTC-00012751
1miler@ dragonbbs.com | 0001 | MTC-00028611
3211@ usa.com | 0001 | MTC-00000850
A. Walter | 0001 | MTC-00019734
Aanestad, Kathy | 0001 | MTC-00002148
Aaron, Bud | 0001 | MTC-00005516
Aaron, Jeff | 0001 | MTC-00005435
AB | 0001 | MTC-00001299
Abbas, Bill | 0001 | MTC-00014870
Abbit, Watkins | 0002 | MTC-00031900
Abel, Ted | 0001 | MTC-00002195
Aberdeen, Ed | 0001 | MTC-00001920
Abeuvian, Mickey | 0001 | MTC-00001121
Abraham, Arthur | 0001 | MTC-00022990
Abrams, Steve | 0001 | MTC-00001718
Abramson, Morton | 0001 | MTC-00029017
Accounting | 0001 | MTC-00009261
Accounting | 0001 | MTC-00009262
Acerra, Michele | 0001 | MTC-00025325
Achor, Louise and Robert | 0001 | MTC-00021572
Ackerman< richard | 0001 | MTC-00031083
Acosta, M. David | 0003 | MTC-00001719
Acuff, Troy | 0001 | MTC-00020853
adamjhecktiman@ hotmail.com | 0001 | MTC-00014540
Adams, Carol | 0001 | MTC-00009671
Adams, Mike | 0001 | MTC-00000058
Adams, Shirley | 0001 | MTC-00001087
Adams, William | 0001 | MTC-00026325
Addona, Peter | 0001 | MTC-00029444
Adler, Stu | 0001 | MTC-00032392
Adrain | 0001 | MTC-00021242
AFeldman@ Symantec.com | 0002 | MTC-00028206
afernandes@ adelphia. net | 0001 | MTC-00011426
Agen, Tim | 0001 | MTC-00000151
Agha, Aurangzeb | 0001 | MTC-00015856
Agnelli, Eleanor | 0001 | MTC-00007060
Agness, Robert | 0001 | MTC-00029801
Agosto, Gunner | 0001 | MTC-00011985
Agrella, Al | 0001 | MTC-00001195
Aguilar, Mandy | 0001 | MTC-00006601
aharoyan@ ucdvars,edu | 0001 | MTC-00027545
ahbollhagen@ yahoo.com | 0001 | MTC-00014520
Ahearn, James and Carol | 0001 | MTC-00027192
Ahlgeen, Paul | 0001 | MTC-00001290
Ahlstrom, Chris | 0001 | MTC-00000985
ahr6928@ msn.com | 0001 | MTC-00012750
Ainsley, MJ | 0001 | MTC-00024119
Ainsley, Robert | 0001 | MTC-00001111
Aird, James | 0001 | MTC-00022638
Aitking, Peter | 0002 | MTC-00013875
akbranch@ juno.com | 0001 | MTC-00014556
Akerboom, Richard | 0001 | MTC-00001072
Akers, Suzanne and Robert | 0001 | MTC-00028680
Akiner, Ay-Vih | 0001 | MTC-00031224
Akker, Ty Van den | 0001 | MTC-00027645
AKN @ Mediaone.net | 0001 | MTC-00000740
Alan Hyman, Richard | 0001 | MTC-00032106
Alan, Drew | 0001 | MTC-00020358
Alba, Roy S. | 0001 | MTC-00027515
Albrecht, Don | 0001 | MTC-00022555
Alcantara, Leonardo | 0001 | MTC-00021661
aldell@ juno.com | 0001 | MTC-00010427
Alderson, Cheryl L. | 0001 | MTC-00007402
Aldinger, Donna | 0001 | MTC-00025054
Alegria, Manny | 0001 | MTC-00026732
Alewine, William | 0001 | MTC-00017876
Alexander, Carl | 0001 | MTC-00015579
Alexander, Doug | 0001 | MTC-00005472
Alexander, Mark W. | 0002 | MTC-00033300
alexmarcos@ hotmail.com | 0001 | MTC-00014515
alice—remcheck@ webtv.net | 0001 | MTC-00028227
Allan, Dick | 0001 | MTC-00033333
Allan, Dick | 0001 | MTC-00023800
Allen, Christopher | 0002 | MTC-00018246
Allen, Gregory | 0001 | MTC-00022331
Allen, Marc | 0001 | MTC-00016521
Allen, Michael | 0001 | MTC-00025317
Allen, Paul G. | 0001 | MTC-00018601
Allen, Shawn | 0001 | MTC-00019691
Alley, Jane D. | 0001 | MTC-00008745
Alley, Jane D. | 0001 | MTC-00011618
Allhouse, Mark | 0001 | MTC-00000218
Allison, Elizabeth | 0001 | MTC-00026102
Allison, Jackie | 0001 | MTC-00026747
Allman, Eric | 0001 | MTC-00015304
Allsbrow, Katie | 0001 | MTC-00019542
als123@ mediaone.net | 0001 | MTC-00024271
Altes, Larry | 0001 | MTC-00018584
Alto, Sandra | 0001 | MTC-00009699
Alton, Matthew | 0001 | MTC-00003483
Amacher, Lois | 0001 | MTC-00009910
amaish@ juno.com | 0001 | MTC-00025814
Amber Dawn Bernett | 0001 | MTC-00019730
Ambrow, Richard | 0002 | MTC-00009187
Amino, Joan | 0001 | MTC-00004375
Amos, Steve | 0001 | MTC-00000092
Andersen, Charles | 0001 | MTC-00027684
Anderson, Brendan | 0001 | MTC-00017729
Anderson, Charla | 0001 | MTC-00031621
Anderson, Chris | 0001 | MTC-00019516
Anderson, Dave | 0001 | MTC-00000464
Anderson, Dennis | 0001 | MTC-00015532
Anderson, Eric | 0001 | MTC-00024738
Anderson, Evan | 0001 | MTC-00018367
Anderson, John | 0001 | MTC-00015226
Anderson, K. | 0001 | MTC-00022142
Anderson, Lon | 0001 | MTC-00029808
Anderson, Mark | 0001 | MTC-00005570
Anderson, Mary | 0001 | MTC-00005845
Anderson, Skyler | 0001 | MTC-00020020
Anderson, Skyler | 0001 | MTC-00020027
Anderson, Stuart | 0003 | MTC-00029238
ANDRAR | 0001 | MTC-00001918
Andrew Spencer | 0001 | MTC-00019714
Andrews, Lee | 0001 | MTC-00011699
Andrews, Rebecca | 0001 | MTC-00025350
Andrews, Robert | 0003 | MTC-00030667
Andybur, Richard W. | 0001 | MTC-00000182
Aneitio, Barbara | 0001 | MTC-00013626
Angell118@ juno.com | 0001 | MTC-00025309
Anguiano, Lupe | 0001 | MTC-00004948
Antiquesfm@ aol.com | 0001 | MTC-00008409
Antlitz, Patricia | 0002 | MTC-00012001
Anton, Pegi | 0002 | MTC-00013797
APALACHFLA@ aol.com | 0001 | MTC-00028207
Apel, Andrew | 0002 | MTC-00013596
Apperson, Fred | 0001 | MTC-00007009
Applegarth, Andrew W. | 0001 | MTC-00001305
Appleton, Ray | 0001 | MTC-00027302
Aragones, Norman | 0001 | MTC-00023659
Ard, Harold W. | 0001 | MTC-00019110
Arends, John | 0001 | MTC-00001518
Argentini, Rankri | 0001 | MTC-00015073
Ari Miller | 0001 | MTC-00019747
Arico, Joe | 0001 | MTC-00001275
Arkowski, Steve | 0001 | MTC-00018647
arlen—betty@ centurytel.net | 0001 | MTC-00028096
Armstrong, Bill | 0001 | MTC-00020918
Armstrong, Brian | 0001 | MTC-00002257
Armstrong, Christopher | 0001 | MTC-00019337
Armstrong, Doug | 0001 | MTC-00004878
Armstrong, Julie A. | 0001 | MTC-00001962
Armstrong, Paul | 0001 | MTC-00001744
Arnette, Chris | 0001 | MTC-00000965
Arnold, Faye | 0001 | MTC-00031566
Arnold, Josh | 0001 | MTC-00016696
Arnold, Kevin L. | 0001 | MTC-00001363
Arnold, Ralph | 0001 | MTC-00001632
Arnstein, James | 0001 | MTC-00009250
Aroensch@ aol.com | 0001 | MTC-00000086
Arons, Tom | 0001 | MTC-00016676
Arral, Shaun | 0001 | MTC-00009889
Ars, Clif | 0001 | MTC-00008504
Art, David Henry | 0001 | MTC-00006047
Arther, Kurt | 0002 | MTC-00001103
Arundale, bob | 0001 | MTC-00031924
Asano, Robert J. | 0001 | MTC-00031239
Ashbaugh, Rusty | 0001 | MTC-00027154
Asher, Karen | 0002 | MTC-00000969
Ashley, David | 0001 | MTC-00016547
Ashmun, Ray | 0001 | MTC-00000823
Ashton, Brenden | 0001 | MTC-00000536
Asiel | 0001 | MTC-00016956
Ataras, Bill | 0001 | MTC-00000542
Ates, Eva S. | 0001 | MTC-00026533
Atkinson, David | 0001 | MTC-00001454
Atlas | 0001 | MTC-00023433
Atudorei, Tiberiv | 0001 | MTC-00014995
Atwater, Richard | 0001 | MTC-00033156
Atwood, Karen | 0001 | MTC-00001360
aub-barb@ juno.com | 0001 | MTC-00010430
Aubuchon, Stephen A. | 0001 | MTC-00020962
Auerbach, Scott | 0001 | MTC-00019461
Aufox, David | 0001 | MTC-00023379
Augustine, Chris | 0001 | MTC-00000370
Aunder, Charles | 0001 | MTC-00029643
Ausborn, Robert | 0002 | MTC-00012589
Ausen, Travis | 0001 | MTC-00019536
Austin, Forrest N. | 0001 | MTC-00018106
Austin, Gail | 0001 | MTC-00024945
Austin, R. | 0001 | MTC-00010393
Avedisusa@ att.net | 0001 | MTC-00008814
Averkiou, Chris | 0001 | MTC-00013852
Avice, Michael | 0001 | MTC-00016850
Avila, Jeff | 0001 | MTC-00016904
awilks@ charter.net | 0001 | MTC-00014511
Axel, David | 0001 | MTC-00011419
Axley, Eric | 0001 | MTC-00022462
Axtell, TW | 0001 | MTC-00025667
Aymsley | 0001 | MTC-00001406
azadoks@ aol.com | 0001 | MTC-00028200
AZwolak, Jason | 0001 | MTC-00015691
B., Matt | 0001 | MTC-00027206
Baanante, Carlos A. | 0001 | MTC-00011600
Babajules@ aol.com | 0001 | MTC-00029258
Babiak, Pedro E. | 0001 | MTC-00030726
Babil, Normande | 0001 | MTC-00001145
Bacarella, Michael | 0001 | MTC-00000530
Backs, Joanne | 0001 | MTC-00027829
Bacon, Brian | 0001 | MTC-00022616
Bagby, Jon | 0001 | MTC-00027703
Baggett, Brad | 0001 | MTC-00017595
Baggrely, Richard | 0001 | MTC-00001385
bagher—sarabi@ hotmail.com | 0001 | MTC-00014577
Bagley, B. | 0001 | MTC-00000038
Bailey, Catherine | 0001 | MTC-00010997
Bailey, Jason | 0001 | MTC-00025072
Bailey-Kellog, Chris | 0001 | MTC-00015380
Baird, Francis E. | 0001 | MTC-00030185
Baird, Michael | 0001 | MTC-00000757
Baker, Gary | 0001 | MTC-00020759
Baker, James H. | 0001 | MTC-00007697
Baker, Kathy | 0001 | MTC-00008952
Baker, Kelly | 0001 | MTC-00002220
Balckwell, Keith | 0001 | MTC-00015533
Balcom, John | 0001 | MTC-00031635
Bald Man | 0001 | MTC-00018752
Baldavzi, Daiana | 0001 | MTC-00001122
Baldwin, Alexander | 0001 | MTC-00016537
Baldwin, Mike | 0001 | MTC-00022302
Bales, Bruce | 0001 | MTC-00002977
Balicki,Jason | 0001 | MTC-00015234
Ball, Allen | 0001 | MTC-00021777
Ball, Mark | 0001 | MTC-00033247
Ball, Mark | 0001 | MTC-00033429
Ballance, Emily | 0001 | MTC-00031254
Ballard, Richard | 0001 | MTC-00028675
Ballew, Roger | 0001 | MTC-00030277
Balloonz2u@ aol.com | 0001 | MTC-00007911
Balok, Larry | 0001 | MTC-00013719
Balok, Larry | 0001 | MTC-00026493
Balsamini, David | 0001 | MTC-00001126
Bamert, Bill | 0001 | MTC-00021709
Bamford, Bobbie | 0001 | MTC-00008526
Bandlow, James | 0001 | MTC-00000230
Banfe, Nick | 0001 | MTC-00027573
bangojoco@ msn.com | 0001 | MTC-00014666
Banks, Marc W. | 0001 | MTC-00029779
Baquero, Edgar | 0001 | MTC-00009310
bar121@ aol.com | 0001 | MTC-00001107
Baranowski, John | 0001 | MTC-00019424
Barat, Jerome B. | 0001 | MTC-00027241
Barber, Stephen | 0002 | MTC-00025344
barbn063200@ aol.com | 0001 | MTC-00026435
barchasl@ msn.com | 0001 | MTC-00028082
Barge, Robert H, Jr. | 0001 | MTC-00022560
Barge, Robert H. | 0001 | MTC-00001015
Barkan, Victoria | 0002 | MTC-00027900
Barnes, Jeffrey | 0001 | MTC-00007293
Barnes, Steven | 0001 | MTC-00024604
Barnett-Lewis, William | 0001 | MTC-00022055
Barney, Jack | 0001 | MTC-00033554
barney13@ mindspring.com | 0001 | MTC-00028235
Barone, Matthew | 0001 | MTC-00021211
Barr, Chester | 0002 | MTC-00030684
Barr, Chris | 0001 | MTC-00004929
Barr, Chris | 0001 | MTC-00022309
Barrera, Jorge | 0002 | MTC-00025336
Barrett, STacy | 0001 | MTC-00025058
Barrie, Bryce | 0001 | MTC-00024481
Barrington, Mike | 0001 | MTC-00000104
Barrm644@ aol.com | 0001 | MTC-00008966
Barron, Becky | 0002 | MTC-00009971
Barrus, Andy | 0001 | MTC-00001522
Barsotti, Joel | 0001 | MTC-00024371
Barth, Kevin | 0002 | MTC-00001254
Barthole, Carol | 0001 | MTC-00000964
Bartkowiak, Michael | 0001 | MTC-00024126
Bartol, Jacqueline | 0001 | MTC-00030549
Barton, T. | 0001 | MTC-00003309
Bartsch, Win | 0001 | MTC-00007977
Baruz, Allan | 0001 | MTC-00024552
Bashor, Philip | 0002 | MTC-00026358
Baskette, John | 0001 | MTC-00019328
Baskin, Jim | 0001 | MTC-00008689
Basler, Dave | 0001 | MTC-00020030
Basquez, Gene | 0001 | MTC-00029630
Bass, Robert | 0001 | MTC-00007049
Bassett, Paul | 0003 | MTC-00010244
Bassett-Bishop, Ivory M. | 0002 | MTC-00009649
Baston, Darcy | 0001 | MTC-00002043
Bateman, Gerald | 0001 | MTC-00023780
Bates, Susan | 0001 | MTC-00028068
Battick, John | 0001 | MTC-00025691
Battle, Mike | 0001 | MTC-00000535
Bauer, Brad | 0001 | MTC-00004178
Bauer, Edwar | 0001 | MTC-00026366
Bauer, Jim | 0001 | MTC-00023587
Bauer, Larry | 0001 | MTC-00024036
Bauer, Michael | 0001 | MTC-00016087
Bauer, Rick | 0001 | MTC-00031266
Baxter, Michael | 0001 | MTC-00000835
Bayer, Ken | 0001 | MTC-00026521
Bayer, Samuel | 0001 | MTC-00018293
Baylor, Bradford | 0001 | MTC-00021104
Baysinger, Geoff | 0001 | MTC-00018651
bbeckman@ gdinet.com | 0001 | MTC-00010444
bch1229@ aol.com | 0001 | MTC-00024234
bduke | 0001 | MTC-00025179
Beachmann4@ aol.com | 0001 | MTC-00024050
Beal, Carrie | 0001 | MTC-00001426
Beal, Raymond | 0001 | MTC-00029812
Bean, Jeffrey | 0001 | MTC-00031887
Beard, Richard | 0001 | MTC-00026897
Bearden, James | 0001 | MTC-00000901
Bearder, James | 0001 | MTC-00016216
Beason, Kevin | 0001 | MTC-00018690
Beatie, huck | 0001 | MTC-00022884
Beatty, Richad | 0001 | MTC-00030596
Beatty, Sherry | 0001 | MTC-00030597
Beauregard, Tony | 0001 | MTC-00015509
Beavers, Keith | 0001 | MTC-00013696
Becera, Sebastian | 0001 | MTC-00022991
Becerra, Edward | 0001 | MTC-00028777
Bechtel, Brad | 0001 | MTC-00017043
Beck, David | 0001 | MTC-00020651
Beck, Michael | 0001 | MTC-00002996
Beck, Patricia | 0001 | MTC-00033449
Beck, Warren | 0002 | MTC-00020614
Becker, Bob | 0001 | MTC-00028006
Becker, Marvin | 0001 | MTC-00022959
Becksted, Bob | 0001 | MTC-00002994
Bedolla, Richard | 0001 | MTC-00009115
Beenan, Dale | 0002 | MTC-00027735
Beers, David | 0001 | MTC-00005785
Begley, Jim | 0001 | MTC-00016382
Behdjat, Mehran | 0002 | MTC-00008693
Behel, Lee | 0001 | MTC-00005407
Beidler, Geoff | 0001 | MTC-00000485
Beitman, Gregorio | 0001 | MTC-00009658
Beljaeff, Gene | 0001 | MTC-00001232
Bell, Glen | 0001 | MTC-00029815
Bell, James Lee | 0001 | MTC-00018624
Bell, Rebecca | 0001 | MTC-00026946
Bellcurren, Craig | 0001 | MTC-00020793
Belli, Nick | 0002 | MTC-00022614
Bellotti, Joe and Vickie | 0001 | MTC-00026174
Beltrame, Marc | 0002 | MTC-00013573
Beltran III, Rafael | 0001 | MTC-00005316
Belz, Andrea | 0001 | MTC-00010880
Ben | 0002 | MTC-00032356
Benas, Allen | 0001 | MTC-00005536
Benda, Mike | 0001 | MTC-00001633
Bendersky, Victor | 0001 | MTC-00030923
Bendokaitis, John | 0001 | MTC-00025081
Benfell, David | 0001 | MTC-00020174
Bengochea, Rosa | 0002 | MTC-00022985
Benjamin, Carlos | 0002 | MTC-00015773
Bennatts, Patricia | 0001 | MTC-00004385
Bennatts, Patricia | 0001 | MTC-00025456
Bennett, Chris | 0001 | MTC-00023974
Bennett, David | 0001 | MTC-00002040
Bennett, Ian | 0001 | MTC-00018140
Bennett, Jason | 0001 | MTC-00009226
Bennett, William M. | 0001 | MTC-00001770
Benoit, Daniel | 0001 | MTC-00031237
Bensley, Lillian | 0001 | MTC-00028617
Benson, Gary | 0001 | MTC-00019688
Benson, Jim | 0001 | MTC-00006965
Benson, Todd | 0001 | MTC-00002990
Berblinger, Marc | 0001 | MTC-00009301
Berens, S. | 0001 | MTC-00020369
Berford, Max | 0001 | MTC-00008399
Berg, John L. | 0001 | MTC-00002169
Bergen, Mardi | 0001 | MTC-00012567
Bergens, Jennifer | 0001 | MTC-00026074
Berger, Dan | 0001 | MTC-00016684
Berger, Eric | 0001 | MTC-00002121
Bergeron, Christopher | 0001 | MTC-00001095
Bergeron, Joe | 0001 | MTC-00001525
Bergknoff, Michael | 0001 | MTC-00030688
Bergman, James | 0002 | MTC-00029426
Berhoff, Barry | 0001 | MTC-00026656
Berkenbile, Dave J. | 0001 | MTC-00014600
berlinmc@ juno.com | 0001 | MTC-00010367
Berlo, Clay | 0001 | MTC-00020132
Berman, Stephen | 0001 | MTC-00026501
Bernard, Jonathan | 0001 | MTC-00017702
Bernard, MIchel | 0001 | MTC-00030576
Bernie | 0001 | MTC-00002131
Berry, Daniel | 0001 | MTC-00024144
Berry, Joshua | 0001 | MTC-00017559
Bertelson, Chris | 0002 | MTC-00010750
Best, L. D. | 0002 | MTC-00032353
Betcha, Hugh | 0001 | MTC-00013747
Bethel, William | 0001 | MTC-00021432
Bettendorf | 0001 | MTC-00001085
Betts, Daniel | 0001 | MTC-00033322
Bevard, Denise | 0001 | MTC-00021024
Beverly, Jeff | 0001 | MTC-00027174
Bevill, Rob | 0001 | MTC-00024350
Bevis, george | 0001 | MTC-00024136
Beychok, Michael | 0002 | MTC-00031885
Bezella, Andy | 0001 | MTC-00025834
bgreer22@ yahoo.com | 0001 | MTC-00028075
Bhanania, Rakesh | 0001 | MTC-00022357
Bhanote, Sandeep | 0001 | MTC-00031863
Bialac, David | 0001 | MTC-00021470
Bicking, Ian | 0001 | MTC-00000999
Biddle, Herb | 0001 | MTC-00005437
Bidwa, Dan | 0001 | MTC-00022360
Bieber, Connie | 0001 | MTC-00020380
Bieber, Harold | 0001 | MTC-00024112
Bien, John | 0001 | MTC-00007176
Bier, L49@ aol.com | 0001 | MTC-00000277
Biever, Ed | 0001 | MTC-00025665
bigelse436 | 0001 | MTC-00025190
biggrandma | 0001 | MTC-00025180
Bigtalk2@ aol.com | 0001 | MTC-00008909
Bijnens, John | 0001 | MTC-00024155
Bill and , Fred and Joan | 0001 | MTC-00030585
Bill, J. | 0001 | MTC-00022898
Billingsley, Brendon | 0001 | MTC-00024398
billsanchez@ juno.com | 0001 | MTC-00028214
bilnetz@ webtv.net | 0001 | MTC-00028219
Bingham, Bruce | 0001 | MTC-00020711
Bingham, Devon | 0001 | MTC-00005385
Bingham, Matt | 0001 | MTC-00024713
Binswanger, Harry | 0001 | MTC-00025093
Birch, William | 0001 | MTC-00021167
Bird, Douglas | 0001 | MTC-00030155
Bird, Fred and Edna Lee | 0001 | MTC-00025543
birdiebajc@ juno.com | 0001 | MTC-00028066
Birmingham, Eddie | 0002 | MTC-00027171
Birren-Wilsey, Patricia | 0001 | MTC-00009334
Bishop, Jim | 0001 | MTC-00027502
Bishop, Michael | 0001 | MTC-00003512
Bishop, Role | 0001 | MTC-00031058
Bizer, Marc | 0001 | MTC-00028891
bking@ wt6.usdoj.gov | 0001 | MTC-00028477
Bkiroglu, Kaya B. | 0001 | MTC-00000231
Black, Richard H. | 0001 | MTC-00031849
blackshack1@ juno.com | 0001 | MTC-00010862
Blades, Don | 0001 | MTC-00006342
Blaede, Timothy N. | 0001 | MTC-00031068
Blais, Criag L. | 0001 | MTC-00031845
Blakely, Michael | 0001 | MTC-00027054
Blakenship, Joyce | 0001 | MTC-00027199
Blanchard, David O. | 0001 | MTC-00000992
Blankership, Bernice | 0001 | MTC-00031061
Blano@ 10.com | 0001 | MTC-00020631
Blanton, Lea | 0001 | MTC-00027654
Blaseu, Darren | 0001 | MTC-00024576
Blauvelt, Whit | 0001 | MTC-00016701
Blaylock, Aloma | 0002 | MTC-00033117
blayman3@ juno.com | 0001 | MTC-00010439
BlC24@ email.byu.edu | 0001 | MTC-00020259
Bleakley, Mr. | 0001 | MTC-00020830
Bleakley, R. | 0001 | MTC-00012608
Bleecker, Francis | 0001 | MTC-00017142
Blichfeldt, Scott | 0001 | MTC-00016679
Blirt, William | 0001 | MTC-00031600
blkarns | 0001 | MTC-00021360
Bloch, Dave | 0001 | MTC-00021499
Block, William | 0001 | MTC-00021038
Blomberg, David | 0001 | MTC-00001102
Blomigous, Neal | 0001 | MTC-00003127
Blomquiest, Scott | 0001 | MTC-00026386
Blondin, John | 0001 | MTC-00007997
BLong91986@ aol.com | 0001 | MTC-00002962
Bloomquist, Helen | 0001 | MTC-00007716
Blum, Raymond | 0001 | MTC-00000264
Blume, dan | 0001 | MTC-00009327
Blumenthal, Mike | 0001 | MTC-00001747
Blummentual, Art | 0001 | MTC-00031100
bmielke | 0001 | MTC-00000742
bobby-fine@ entersolve. com | 0001 | MTC-00025071
bobhansen@ mindspring.com | 0001 | MTC-00014516
bobjn8rl@ juno.com | 0001 | MTC-00010465
bobjomurrell@ juno.com | 0001 | MTC-00027952
Bobjytte@ aol.com | 0001 | MTC-00005537
boblemon@ juno.com | 0001 | MTC-00010441
Bobowski, Eaman | 0001 | MTC-00000093
bobtipt@ netscape.net | 0001 | MTC-00021411
Bodden, Larry | 0001 | MTC-00019797
Bodis, Steve | 0003 | MTC-00010508
Boester, Tim | 0001 | MTC-00023359
Bogan, R | 0001 | MTC-00014079
Bogart, Donald | 0001 | MTC-00030694
Bogdashevsky, Alexander | 0001 | MTC-00027243
Bogert, Larry | 0001 | MTC-00020147
Bohach, Terry | 0001 | MTC-00002995
Bohumil, John D. | 0001 | MTC-00000983
Boingram@ aol.com | 0001 | MTC-00007190
Bold, Greg | 0001 | MTC-00024142
Boleader, James H. | 0001 | MTC-00008350
Boler, Larry | 0001 | MTC-00028552
Bolvin, Tom | 0002 | MTC-00031892
Bond, Andrew | 0001 | MTC-00016870
Bond, James R. | 0001 | MTC-00031077
Bond, Jim | 0001 | MTC-00025558
Bonderman, Colin Lee | 0001 | MTC-00019686
Bone, Gordon | 0001 | MTC-00025160
Bonevich, John | 0001 | MTC-00018661
Bonfield, Michael J. | 0001 | MTC-00006549
Bonfiglio, Brian | 0001 | MTC-00017428
Boni, Susan | 0001 | MTC-00015954
Bonin, J. | 0001 | MTC-00007258
Bonk, Sue | 0001 | MTC-00007710
Bonney, Elisabeth | 0001 | MTC-00027547
Bonnie, Murrie | 0002 | MTC-00014175
bonwit69 | 0001 | MTC-00025174
Boone, Josephine | 0001 | MTC-00032380
Bora, Renu | 0001 | MTC-00023982
Bordic, Jerry | 0001 | MTC-00005397
Borean, Wayne | 0001 | MTC-00029269
Borgart, George | 0001 | MTC-00000276
Borland, Bradford | 0001 | MTC-00014064
Borwankar, Nitin | 0002 | MTC-00017855
Borzellino, Joe | 0001 | MTC-00001648
Bose, Laudric | 0001 | MTC-00026249
Bosland, Michael | 0001 | MTC-00017086
Bossa, Allen | 0001 | MTC-00009338
Bostic, Karen | 0001 | MTC-00021043
Boston, Brittisha | 0002 | MTC-00029840
Botvin, Ivan | 0001 | MTC-00024493
Bouis, Alexander | 0001 | MTC-00016680
Bouklas, James | 0001 | MTC-00020683
Bourassa, Gregory | 0001 | MTC-00021520
Boutros, Ed | 0001 | MTC-00024497
Bouzek, Les | 0001 | MTC-00026890
Bowen, Kimberly | 0001 | MTC-00006122
Bowker, Adam | 0001 | MTC-00024528
Bowman, David | 0001 | MTC-00029009
Bowman, Ken | 0001 | MTC-00018519
BoyCottPapaJohns@ aol.com | 0001 | MTC-00016594
Boyd, Brian | 0001 | MTC-00010713
Boyd, George M. | 0001 | MTC-00027553
Boyd, Mark | 0001 | MTC-00004924
Boyer, Charles | 0001 | MTC-00000244
Boyer, Robert | 0001 | MTC-00029333
Boykin, Joseph | 0001 | MTC-00001465
Boyle, Dave | 0001 | MTC-00000844
Boyle, Marsha E. | 0001 | MTC-00008687
Bradley, Charles | 0002 | MTC-00026737
Bradley, Chris | 0001 | MTC-00002126
Bradley, Elizabeth | 0002 | MTC-00028661
Bragg, Loni | 0001 | MTC-00000029
Bragin, S. | 0001 | MTC-00006131
Brake, Dennis | 0001 | MTC-00001908
Brakvatne, Rolf | 0001 | MTC-00026785
Bralski, James | 0001 | MTC-00025870
Branagan, Michael | 0001 | MTC-00020779
Brancato, Tony | 0001 | MTC-00019413
Brandl, Christian | 0001 | MTC-00020253
Brant, Ed | 0001 | MTC-00029181
Braun, Bill | 0001 | MTC-00032375
Braun, Geoff | 0001 | MTC-00002057
Braunann, Dlaude | 0001 | MTC-00025159
Brauner, Herbert | 0001 | MTC-00006154
Brechler, Carl | 0001 | MTC-00027667
Brede, Lovlie | 0001 | MTC-00009668
Breheny, Temy | 0001 | MTC-00001264
Bremner, Philip | 0001 | MTC-00005505
Brengle Jr., Rolland | 0001 | MTC-00029398
Brennan, BJ | 0001 | MTC-00021549
Brennan, Doug | 0001 | MTC-00006199
Brennan, Houston | 0001 | MTC-00020275
Brennan, Rich | 0001 | MTC-00024007
Brenneman, Robert J. | 0001 | MTC-00015780
Brenner, Paul | 0001 | MTC-00022255
Bress, Diana | 0001 | MTC-00009451
Bressman, Bill | 0001 | MTC-00005682
Brett, Catherine | 0001 | MTC-00028052
Brewer, Patrick | 0001 | MTC-00000015
Brewis, Bill | 0001 | MTC-00012917
Brewster, Aubrey | 0001 | MTC-00009095
Brewster, Aubrey | 0001 | MTC-00032399
Breyer, Eva | 0001 | MTC-00020287
Brian | 0001 | MTC-00001724
Brian Karen | 0001 | MTC-00000154
brian@ cali.ixlabs.com | 0001 | MTC-00017799
Briccetti,Jon | 0001 | MTC-00023675
BRice10273@ aol.com | 0001 | MTC-00028804
Bridge, Jeffrey | 0001 | MTC-00016674
Bridges, Kenneth | 0001 | MTC-00033487
Bridges, Rob | 0004 | MTC-00031617
Bright, Josh | 0001 | MTC-00016257
Brilton, Nicolas | 0001 | MTC-00018594
Brine, Derek | 0001 | MTC-00012691
Brisendine, John F. | 0001 | MTC-00009946
Brislavon, Mary | 0002 | MTC-00026978
britter@ dfn.com | 0001 | MTC-00021424
Britton, Russ | 0001 | MTC-00026697
Brody, A. | 0002 | MTC-00002163
Broms, Charles | 0001 | MTC-00028382
Bronson, Jim | 0001 | MTC-00033468
Bronto | 0001 | MTC-00000160
Brooks, Harold L. | 0002 | MTC-00017362
Brooks, Kay | 0001 | MTC-00021923
brookt1@ gte.net | 0001 | MTC-00028080
Broun, Terry | 0001 | MTC-00003480
Broussard, James | 0001 | MTC-00029042
Browman, Vincent | 0001 | MTC-00021912
Brown Jr., W. Thackora | 0001 | MTC-00031841
Brown, Bob | 0001 | MTC-00021551
Brown, Bonnie J. | 0001 | MTC-00010134
Brown, Charles | 0001 | MTC-00022886
Brown, Charles | 0001 | MTC-00027318
brown, doug | 0001 | MTC-00006628
Brown, J. Crozier | 0001 | MTC-00031857
Brown, Joshua | 0001 | MTC-00000783
Brown, Joy | 0001 | MTC-00000637
Brown, Robert | 0001 | MTC-00029022
Brown, Sam | 0001 | MTC-00008355
Brown, Sam | 0001 | MTC-00008364
Brown, Sandra | 0001 | MTC-00031873
Brown, Sarah | 0001 | MTC-00017790
Brown, Skip | 0002 | MTC-00001267
Brown, Stan | 0001 | MTC-00029228
Brown, Terry | 0001 | MTC-00021790
Brown, Vicki | 0001 | MTC-00017587
Browning, Raymond | 0001 | MTC-00008433
Brownstein, Barbara | 0001 | MTC-00031862
Brubaker, James | 0001 | MTC-00029401
Brublay, Peter | 0002 | MTC-00019492
Bruce | 0001 | MTC-00023030
Bruce, James | 0002 | MTC-00015547
Bruce, John | 0001 | MTC-00003513
Bruce, Kecia | 0001 | MTC-00005473
Brugger, John | 0001 | MTC-00014391
Brugger, John | 0001 | MTC-00028913
Bruington, Braden | 0001 | MTC-00014087
Brumpton, Richard G. | 0001 | MTC-00018356
Brunner, Paul G. | 0001 | MTC-00005712
Bruton, Sean | 0001 | MTC-00019364
Bruton, Tony | 0001 | MTC-00022186
Bryan, D. | 0001 | MTC-00020203
Bryant, David | 0002 | MTC-00016662
Bryant, Ernest A. | 0001 | MTC-00002965
Bryld, Warren | 0001 | MTC-00012619
Bryson, Roger W. | 0001 | MTC-00026466
bstawink1@ juno.com | 0001 | MTC-00010891
bsuttn | 0001 | MTC-00025170
Buchanan, William | 0001 | MTC-00024465
Buchar, J.T. | 0001 | MTC-00033862
Buckley, Richard | 0001 | MTC-00009736
buckyt@ winjones co.com | 0001 | MTC-00014678
Buddy578@ juno.com | 0001 | MTC-00010445
budg3620@ aol.com | 0001 | MTC-00014683
Budge, Allen N. | 0001 | MTC-00025858
Buecheler, Kurt | 0001 | MTC-00030558
Buecheler, Lori | 0001 | MTC-00030577
Buell, Mark | 0001 | MTC-00032352
Buezewski, Joseph | 0001 | MTC-00031262
Bugbee, Larry | 0001 | MTC-00028689
Buley, Trevor | 0001 | MTC-00019006
Bullard, D. K. | 0001 | MTC-00005498
Bullard, David and Barbara | 0001 | MTC-00012692
Bullock, John K. | 0001 | MTC-00019674
Bullock, Kevin | 0001 | MTC-00033539
Bultot, Roger | 0002 | MTC-00006393
Bungard, Harry E. | 0001 | MTC-00002042
Bungert, Daniel | 0001 | MTC-00023454
Bunn, Kent | 0001 | MTC-00017485
Burden, Douglas | 0001 | MTC-00006114
Burdice, Frank | 0001 | MTC-00025472
Burgess, Chester | 0001 | MTC-00007969
Burgess, Eric | 0001 | MTC-00015869
Burk, Phil | 0001 | MTC-00022621
Burkard, Trent | 0002 | MTC-00000948
Burke, Brian | 0001 | MTC-00006129
Burke, Patrick J. | 0001 | MTC-00001024
Burke, Ruth | 0001 | MTC-00030630
Burkhard, John | 0001 | MTC-00017079
Burkholder, Ward J. | 0001 | MTC-00010063
Burlison, Donald | 0001 | MTC-00030837
Burlison, Donald | 0001 | MTC-00033852
Burnett, Jim | 0001 | MTC-00014998
Burnett, Terry | 0001 | MTC-00009666
Burns, Brenna | 0001 | MTC-00023029
Burns, Jared | 0001 | MTC-00015238
Burns, Robert | 0002 | MTC-00030274
Burns, Scott | 0001 | MTC-00021735
Burnsed, Harold L. | 0001 | MTC-00026682
Burton, Aaron | 0001 | MTC-00002221
Burton, Brian R. | 0001 | MTC-00001640
Burton, Harvey | 0001 | MTC-00017316
Burwell, J. Ross | 0001 | MTC-00019468
Buscaglia, Robert | 0001 | MTC-00026798
Bushman, Richard | 0001 | MTC-00024637
Bushman, Robert | 0001 | MTC-00015482
Buss, Carol and Dennis | 0002 | MTC-00030652
Busta, Paul R. | 0001 | MTC-00022788
Butler, Clyde W. | 0001 | MTC-00007742
Butler, Clyde W. | 0001 | MTC-00025365
Butler, John | 0001 | MTC-00021373
Butler, Kevin | 0001 | MTC-00017176
Butler, Matt | 0001 | MTC-00017566
Butler, Ralph | 0001 | MTC-00000949
Butler, Timothy R. | 0002 | MTC-00000982
Butte, Brian | 0002 | MTC-00000909
Butterfield, Geoff | 0001 | MTC-00016901
Byford, F. M. | 0001 | MTC-00009387
Byrom, Bill | 0001 | MTC-00018724
Cabins519@ cs.com | 0001 | MTC-00009557
Cable, Gary | 0001 | MTC-00003520
Cacas, Caroline | 0001 | MTC-00005522
Caffarella, Rocky | 0001 | MTC-00026780
Cage, Russell | 0001 | MTC-00030692
Calabria, Raffaella | 0001 | MTC-00022574
calde@ charter.net | 0001 | MTC-00017436
Calderazzo, Dominick | 0001 | MTC-00031282
Caldwell, David | 0001 | MTC-00021507
Caldwell, Kevin | 0001 | MTC-00016406
Callahan, John R. | 0001 | MTC-00028251
Callaway, Tom | 0001 | MTC-00017598
Calle, Arsenio | 0001 | MTC-00025308
Calnan, Bob | 0001 | MTC-00025507
camfam99@ juno.com | 0001 | MTC-00010477
Campbell, Craig | 0001 | MTC-00024408
Campbell, Diana | 0002 | MTC-00030587
Campbell, Diana | 0001 | MTC-00030586
Campbell, John | 0001 | MTC-00027742
Campbell, Ralph | 0001 | MTC-00003381
Campbell, Shawn | 0001 | MTC-00015894
Campbell, W. Ryan Jr. | 0001 | MTC-00022064
Campisi, John | 0001 | MTC-00033391
Canin, Jason | 0001 | MTC-00021021
Cann, Damon | 0001 | MTC-00027696
Cann, Danae | 0002 | MTC-00026402
Canon, Joseph A. | 0002 | MTC-00031052
Canosella, John | 0001 | MTC-00001283
Cantey, John M. | 0001 | MTC-00013601
Cantiani, Paul | 0001 | MTC-00031276
Cantwell, Ray | 0001 | MTC-00026197
Cap, Paul and Carolyn | 0001 | MTC-00025820
Cape, Jerry and Nancy | 0001 | MTC-00011005
Capehart, Michael | 0001 | MTC-00033557
Caplan, Charles H. | 0001 | MTC-00007652
Capozzi, Michael | 0001 | MTC-00024105
Captain | 0001 | MTC-00022253
Caputo, Vincent | 0002 | MTC-00027688
Cardiodude@ aol.com | 0001 | MTC-00032370
Carey, Kathleen | 0001 | MTC-00026556
Cargod01 | 0001 | MTC-00012509
carlclifton@ hotmail.com | 0001 | MTC-00016046
Carlevato, Christopher L. | 0001 | MTC-00019660
Carlin, Chris | 0001 | MTC-00020376
Carlson, Aletha | 0001 | MTC-00026781
Carlson, Pat and Fred | 0001 | MTC-00008994
Carlson, Pat and Fred | 0001 | MTC-00032390
Carlson, Richard | 0001 | MTC-00029047
Carlson, Steve | 0001 | MTC-00021721
Carney, Lauren | 0001 | MTC-00030347
carollia@ juno.com | 0001 | MTC-00028226
carolnbruce@ hotmail.com | 0001 | MTC-00028088
Carothers, John | 0001 | MTC-00025052
Carpenter, Andrew | 0001 | MTC-00019329
Carpenter, Dave | 0001 | MTC-00007980
Carr, James | 0001 | MTC-00005467
Carr, Tom | 0001 | MTC-00001496
Carretta, Danny A. | 0001 | MTC-00031975
Carrier, L. E. | 0001 | MTC-00023386
Carroll, Tini | 0001 | MTC-00001708
Carroll, Tini | 0001 | MTC-00001710
Carson, Clay | 0001 | MTC-00001171
Cartaya, Julio A. | 0001 | MTC-00019773
Carter, John | 0001 | MTC-00000043
Carter, Kevin | 0001 | MTC-00024499
Carter, Lester | 0001 | MTC-00027308
Carter, Lois M. | 0001 | MTC-00026675
Carter, Michael | 0001 | MTC-00010577
Cartwright, FD | 0001 | MTC-00008096
Carubia, Dino | 0002 | MTC-00007074
Carver, Ruth | 0001 | MTC-00024551
Casaday, Kelly | 0001 | MTC-00010108
Casamarina@ juno.com | 0001 | MTC-00010421
Case, Chuck | 0001 | MTC-00000202
Casebere, Ron | 0001 | MTC-00019333
Casey, John | 0001 | MTC-00003456
Cassandra, Anthony | 0001 | MTC-00000800
Cassano, Joseph | 0001 | MTC-00017075
Castleberry, Kevin B. | 0001 | MTC-00000998
Castroy y Castro, Juan | 0001 | MTC-00017027
Cate, Lisa | 0001 | MTC-00027072
Caterina, Amy | 0001 | MTC-00030271
Catinaud, Laurent | 0001 | MTC-00020274
Cattell, Thomas | 0001 | MTC-00000526
Cauchi, Gary | 0001 | MTC-00010740
Caudill, James | 0001 | MTC-00030298
Caudill, Richard | 0001 | MTC-00017062
caudo@ aol.com | 0001 | MTC-00014588
Caudron, Thoams and Denise | 0001 | MTC-00015004
Caughron, Mat | 0001 | MTC-00025021
Cavallaro, Raffael | 0001 | MTC-00001621
Cavanaugh, Diane and Barry | 0001 | MTC-00030593
Caveney, Robert | 0001 | MTC-00002854
Cayado, Raul | 0001 | MTC-00029408
Cazzola, Jolene | 0001 | MTC-00007032
CBlech@ aol.com | 0001 | MTC-00007432
cbstaz@ juno.com | 0001 | MTC-00010437
cctimber@ msn.com | 0001 | MTC-00014597
cdj@ aol.com | 0001 | MTC-00028067
cdoennecke@ aol.com | 0001 | MTC-00026771
cdydr@ aol.com | 0001 | MTC-00028587
cebll828@ aol.com | 0001 | MTC-00021409
Cebull, Brian | 0001 | MTC-00025342
Cebulski, Mike | 0001 | MTC-00001517
Cechota, David | 0002 | MTC-00029816
Celsi, Claire | 0002 | MTC-00013568
Centofante, Lorraine | 0001 | MTC-00027070
Cervantes, Jess | 0001 | MTC-00030844
Cesarini, Paul | 0001 | MTC-00001298
Chabot, Chris | 0001 | MTC-00015219
Chadstrom, Vic | 0001 | MTC-00031805
Chalmers, Morley | 0001 | MTC-00001483
Chamberlain, Scott | 0001 | MTC-00018503
Chambers, Charles | 0001 | MTC-00001096
Chambers, Charles Sr. | 0001 | MTC-00011889
Champaigne, Barbara | 0001 | MTC-00033854
champcom@ juno.com | 0001 | MTC-00028228
Chan, Edward | 0001 | MTC-00005383
Chan, Jimmy | 0001 | MTC-00007676
Chan, Nathaniel | 0001 | MTC-00024394
Chandra, Pravir | 0001 | MTC-00018360
Chandrasekaran, Sashikanth | 0001 | MTC-00017155
Chaney, Evan | 0001 | MTC-00003417
Chang, Chung | 0001 | MTC-00021332
Chang, Edward | 0001 | MTC-00018652
Changaris, Jim | 0001 | MTC-00023990
Chany, Cal | 0002 | MTC-00000330
Chaplin, Andrew | 0001 | MTC-00016586
Chapman, Charles | 0001 | MTC-00025545
Chapman, Chester | 0001 | MTC-00022995
Charmella, Joseph | 0001 | MTC-00000966
chas8422@ hotmail.com | 0001 | MTC-00011136
Chase, Del & Sue | 0001 | MTC-00009302
Chase, Randy | 0001 | MTC-00000213
chasse39@ msn.com | 0001 | MTC-00021958
Chaudhry, Shahid | 0001 | MTC-00011014
Cheely, Ned and Suzy | 0001 | MTC-00032591
Cheely, Suzy | 0001 | MTC-00010759
Chelini, Clara | 0001 | MTC-00013849
Chell, Jay | 0001 | MTC-00028025
Chen, Andrew | 0001 | MTC-00019699
Chen, Kuo A. | 0001 | MTC-00026417
Chernov, Marlene | 0001 | MTC-00005310
Cheronad@ bellsouth.net | 0001 | MTC-00028220
Chersky, Joe | 0001 | MTC-00028974
Chesne, Janet | 0001 | MTC-00028664
Cheung, Cathy | 0001 | MTC-00023018
Chevrot, Jean-Mare | 0001 | MTC-00022564
Chi, Gregory | 0001 | MTC-00000931
Chia, Linda | 0002 | MTC-00027330
Chiang, Lisa | 0001 | MTC-00000904
Chick, D. R. | 0001 | MTC-00006164
Chick1040 | 0001 | MTC-00028291
Chicklarge@ aol.com | 0001 | MTC-00005815
Childers, Alvin | 0001 | MTC-00031879
Childs, Rand H. | 0001 | MTC-00002291
Childs, Robert | 0001 | MTC-00014188
Childs, Robert A. | 0001 | MTC-00029085
Chipdey, Pratik | 0001 | MTC-00005330
Chisek, Sean | 0001 | MTC-00027659
Chistensen, Thomas | 0002 | MTC-00012704
chloeckm@ aol.com | 0001 | MTC-00023823
Chodera, John D. | 0001 | MTC-00018288
Choi, Eunice | 0001 | MTC-00027725
Choper, Herman | 0001 | MTC-00026952
Choung, Jin | 0001 | MTC-00025804
Choy, Gene | 0001 | MTC-00020163
Choy, Michael | 0001 | MTC-00021775
Choy, Michael | 0001 | MTC-00021798
Choy, Mike | 0001 | MTC-00021881
Chris | 0001 | MTC-00015041
Chris | 0001 | MTC-00015576
chriscypher | 0001 | MTC-00019275
Christensen, Carl | 0001 | MTC-00016332
Christensen, Dewayne | 0001 | MTC-00001436
Christiansen, Eric | 0001 | MTC-00015685
Christie, Daniel | 0001 | MTC-00028523
Christman, Roy | 0001 | MTC-00000978
christopher.shaffer@ gbbragg.com | 0001 | MTC-00028652
Christy, Timothy L. | 0001 | MTC-00000442
Chtourov, Halim | 0001 | MTC-00000271
Chu, Howard | 0001 | MTC-00005762
Chu, Jay | 0002 | MTC-00024574
Church, Kevin | 0001 | MTC-00022623
Chuter, Chris | 0001 | MTC-00016683
chwtoy@ attbi.com | 0001 | MTC-00018201
Ciao, James | 0001 | MTC-00029838
ciecie@ juno.com | 0001 | MTC-00019307
Cihak, John F. | 0001 | MTC-00031627
Cimetta, Henny | 0001 | MTC-00008015
Cimino, Irene | 0001 | MTC-00031259
Claffy, K. | 0001 | MTC-00022352
Clark, Charles | 0001 | MTC-00022549
Clark, Francis | 0001 | MTC-00029043
Clark, M. | 0001 | MTC-00004323
Clark, Morgan | 0002 | MTC-00033409
Clark, Peter | 0001 | MTC-00017092
Clark, Raymond J. | 0001 | MTC-00003000
Clark, Sharon & Joyce | 0001 | MTC-00009696
Clark, Sharon & Joyce | 0001 | MTC-00009697
Clark, Steve | 0001 | MTC-00015046
Clarke, Rex | 0001 | MTC-00000771
clarke@ qx.net@ inetgw | 0001 | MTC-00016501
Classen, Howard | 0001 | MTC-00026802
Claudon, Shirley | 0001 | MTC-00030188
Clauset, Aaron | 0001 | MTC-00021500
Clear, Don | 0002 | MTC-00005361
Clements, Kayle | 0001 | MTC-00025836
clfhif@ juno.com | 0001 | MTC-00010357
Clifton, Doug | 0001 | MTC-00002976
Cline, Danny | 0001 | MTC-00031294
Clinton, William | 0001 | MTC-00021754
Clive, Myers | 0001 | MTC-00019703
Clodius, Jen | 0001 | MTC-00015249
Clontz, Randy | 0001 | MTC-00021755
Close, Andrew | 0001 | MTC-00018639
Clough, Ralph D. | 0001 | MTC-00032379
Clouse, Ray | 0001 | MTC-00017154
Cluff, Wayne | 0001 | MTC-00031583
Clyde and Jean | 0001 | MTC-00004341
cmnsy | 0001 | MTC-00025187
Coady, Tom | 0001 | MTC-00014982
Cobb, Frank | 0001 | MTC-00007038
Cobey, B. | 0001 | MTC-00031839
Cochran, Joe | 0001 | MTC-00026213
Cody, Daniel J. | 0001 | MTC-00019799
Coggins, Jay | 0001 | MTC-00016934
Cohen, Daniel | 0001 | MTC-00031895
Cohen, Elaine | 0001 | MTC-00010726
Cohen, Glenca | 0001 | MTC-00031269
Cohen, Mike | 0001 | MTC-00020051
Cohen, Peter | 0001 | MTC-00025305
Cohill, Andrew | 0001 | MTC-00030672
Coker, Dave | 0001 | MTC-00001545
Colby, David | 0001 | MTC-00022687
Colclasure, Richard | 0001 | MTC-00002584
Cole, Audrey | 0001 | MTC-00028516
Cole, David | 0001 | MTC-00025064
Cole, Ivan | 0001 | MTC-00029806
Cole, Michael | 0001 | MTC-00018562
Cole, Michael J. | 0001 | MTC-00018698
Cole, Richard | 0002 | MTC-00001407
Coleman, Anthony | 0002 | MTC-00017339
Colligan, Andy | 0001 | MTC-00023819
Collins, Bert | 0001 | MTC-00015239
Collins, James E. | 0001 | MTC-00021875
Collins, Joe | 0001 | MTC-00031897
Collins, Joseph | 0001 | MTC-00024047
Collins, Pat | 0002 | MTC-00012093
Collins, Valerie | 0001 | MTC-00027315
COLLINSF3@ aol.com | 0001 | MTC-00032395
Colquitt, Maureen | 0001 | MTC-00002429
Colthorp, Bernita | 0001 | MTC-00014097
colvinn1@ muohio.edu | 0001 | MTC-00028612
Comly, Albert R. | 0001 | MTC-00009164
comptoby@ bellsouth.net | 0001 | MTC-00021433
Compton, Dan | 0001 | MTC-00018543
Compton, Mark | 0001 | MTC-00003514
Conlen, Bill | 0002 | MTC-00008817
Conley, Ric | 0001 | MTC-00015181
Connelly, Jeremiah | 0001 | MTC-00001444
Conneny, Jim | 0001 | MTC-00024019
Conners, Mick | 0001 | MTC-00001739
Connor, G. | 0001 | MTC-00023828
Conroy, Chris | 0001 | MTC-00014285
Conway, Matt | 0001 | MTC-00021736
Conway, Tim | 0001 | MTC-00016668
Cooherhm@ aol.com | 0001 | MTC-00005817
Cook, Brian | 0001 | MTC-00001980
Cook, Carl A. | 0001 | MTC-00022541
Cook, John | 0002 | MTC-00006272
Cook, Margaret | 0001 | MTC-00022604
Cooley, William B. | 0001 | MTC-00031833
Cooper, David | 0002 | MTC-00009523
Cooper, Gwendell | 0001 | MTC-00027752
Cooper, Jeff | 0001 | MTC-00001276
Cooper, Tony | 0001 | MTC-00000922
Cope, Michael | 0001 | MTC-00023418
Copeland, James | 0001 | MTC-00025319
Copeland, Richard | 0001 | MTC-00015373
Copits, Richard | 0001 | MTC-00001164
Corbitt, Karen | 0001 | MTC-00023896
Corblis, R.J. | 0001 | MTC-00033049
Cordair, Quent | 0001 | MTC-00005350
Cordes, Dana | 0001 | MTC-00003331
Cordova, Rebecca | 0001 | MTC-00016906
Coriell, Bill | 0001 | MTC-00030557
Corkum, Robert | 0001 | MTC-00012821
Corlett, Jack | 0001 | MTC-00020379
Cornelius, Shanon | 0001 | MTC-00020003
Cornell, Glen | 0001 | MTC-00019794
Corning, Joshua | 0001 | MTC-00018297
Cornwall, Jim and Dolores | 0001 | MTC-00021056
Corrin, Allan | 0001 | MTC-00008961
cortath@ juno.com | 0001 | MTC-00028090
Cortese, Jack | 0001 | MTC-00008984
Corthell, Stephen | 0002 | MTC-00014216
Corwin, Chris | 0001 | MTC-00020771
Cosand, Andrew J. | 0001 | MTC-00020007
Costa, Alfie | 0001 | MTC-00025747
Costello, Geoffrey | 0001 | MTC-00017053
Cothran, Jeremy | 0001 | MTC-00015807
Cotten, Nadalyn | 0001 | MTC-00026331
Cottle, Richard | 0001 | MTC-00021579
Cotton, Dave | 0001 | MTC-00023566
Counselman, Chuck | 0001 | MTC-00001210
Course, A. L. | 0001 | MTC-00006409
Courter, Kris | 0001 | MTC-00021462
Courtney, Wynn | 0001 | MTC-00029826
Coutinho, Mike | 0001 | MTC-00023609
Cowan, Tim | 0001 | MTC-00002278
Cowlishaw, James | 0001 | MTC-00020692
Cox, Billie | 0001 | MTC-00008396
Cox, Clark | 0001 | MTC-00009673
Cox, James | 0001 | MTC-00031082
Cox, James | 0001 | MTC-00030662
Cox, Jud | 0001 | MTC-00009941
Cox, Micah | 0001 | MTC-00018627
Cox, Russell | 0001 | MTC-00029010
Cox, Thomas | 0001 | MTC-00020273
Craig | 0001 | MTC-00019751
Craig, Dan | 0001 | MTC-00000521
Cramer, Ed | 0001 | MTC-00022765
Cramer, LaMaia | 0001 | MTC-00018377
Cramer, Sam | 0001 | MTC-00001022
Crash | 0001 | MTC-00019700
Cravens, Richard | 0001 | MTC-00015680
Crawford, Charles | 0001 | MTC-00021456
Crawford, Charles A. | 0001 | MTC-00029307
Crawford, Danny | 0001 | MTC-00000539
Crawford, Danny | 0001 | MTC-00002988
Crawford, Diane | 0001 | MTC-00008011
Crawford, Jim | 0001 | MTC-00021744
Crawford, Luke | 0001 | MTC-00022155
Crean, John | 0001 | MTC-00005515
Creed, Michael | 0001 | MTC-00022170
Creighton, Mike | 0001 | MTC-00019827
Cressey, Benjamin | 0001 | MTC-00017183
Crgjil@ aol.com | 0001 | MTC-00020710
Crighton, Margaret | 0001 | MTC-00028872
Crist, Jason | 0001 | MTC-00017882
Crocker, Larry | 0001 | MTC-00026773
Croft, Darren V. | 0001 | MTC-00018368
Cromley, Jake | 0001 | MTC-00016687
Crone, Joshua | 0001 | MTC-00016296
Crone, Parr | 0001 | MTC-00002017
Crorin, Beau | 0001 | MTC-00018400
Crosby, Peter | 0001 | MTC-00023883
Crosby, Tom | 0001 | MTC-00024129
Crossland, Clyde | 0001 | MTC-00001475
Crouch, Mick | 0001 | MTC-00017547
Crouse, Kerry | 0001 | MTC-00018663
Crow, Jak | 0001 | MTC-00002173
Crowell, Harry | 0001 | MTC-00021645
Crowell, Harry | 0001 | MTC-00009677
Croyle, Aaron | 0001 | MTC-00024746
Cruise, Dennis | 0001 | MTC-00018504
Crumley, Jim | 0001 | MTC-00022984
Crumley, Jim | 0001 | MTC-00030280
Crump, Alfred W. | 0002 | MTC-00031830
Crump, Dick | 0001 | MTC-00009747
Crumpacker, William | 0001 | MTC-00006176
Crumpacker, William J. | 0001 | MTC-00031848
Crushing | 0001 | MTC-00015371
CShank5585@ aol.com | 0001 | MTC-00010354
CSina@ juno.com | 0001 | MTC-00010398
CTJ592@ aol.com | 0001 | MTC-00008000
cu8@ juno.com | 0001 | MTC-00010877
Cuddihy, Scott; Di'Antonio, Karen; Sowah, Syl; Parris, Jim; Parris, Jeff | 0001 | MTC-00022333
Cuff, Philip | 0001 | MTC-00023636
Culbertson, Thomas | 0001 | MTC-00021174
Cull, Jay | 0001 | MTC-00005695
Cumley, Oliver and Anna | 0001 | MTC-00029192
Cumming, Nice | 0001 | MTC-00000784
Cummings, Nan | 0001 | MTC-00027202
Cunningham, Brian | 0001 | MTC-00017596
Cunningham, Gene | 0001 | MTC-00026707
Cupp Jr. Gary D. | 0001 | MTC-00015480
Cure, Doug | 0001 | MTC-00021791
Curren, Dale | 0001 | MTC-00020538
Curtis, Bradley | 0001 | MTC-00010183
Curtis, Michael | 0001 | MTC-00030178
Cusgrove, Kevin | 0001 | MTC-00022998
Cusick, Carolyn | 0001 | MTC-00033580
Cusumaro, Charles | 0001 | MTC-00001393
Cuth, John | 0001 | MTC-00012593
Cutleinth, Duron | 0001 | MTC-00031641
Cutler, Dedra | 0001 | MTC-00020643
Cuto, Harry | 0001 | MTC-00031248
cutterb@ juno.com | 0001 | MTC-00011113
Cuyar, Joyce | 0001 | MTC-00006123
cwhyble37@ juno.com | 0001 | MTC-00010921
cyvalco@ juno.com | 0001 | MTC-00028063
D'Attomo, Anthony | 0002 | MTC-00005545
Dacey, Ken | 0001 | MTC-00008962
DADANS22@ aol.com | 0001 | MTC-00008257
Dadio | 0001 | MTC-00022717
Daethe@ aol.com | 0001 | MTC-00023599
dag474—2000@ yahoo.com | 0001 | MTC-00028091
Daggett, Dennis | 0001 | MTC-00029833
Dahl, Dave | 0001 | MTC-00023617
Dahl, Lewis | 0001 | MTC-00005305
Dahlberg, Robert and Carol | 0001 | MTC-00032384
Dale, Steve | 0001 | MTC-00021340
Dalla, Chris | 0001 | MTC-00021757
dallascowboys@ juno.com | 0001 | MTC-00028239
DALNNA@ aol.com | 0001 | MTC-00007458
Dalton, Carey | 0001 | MTC-00017582
Dalton, Ed | 0001 | MTC-00025657
dan | 0001 | MTC-00024058
Dan | 0001 | MTC-00022622
DAngeli, Frank | 0001 | MTC-00000216
Daniels, Janus | 0001 | MTC-00000962
Daniels, Kent | 0001 | MTC-00000232
Dankovits, Kris | 0001 | MTC-00024451
DanNelis@ aol.com | 0001 | MTC-00002296
Darnall, Ralph | 0001 | MTC-00008652
darnasar@ bu.edu | 0001 | MTC-00014581
Darnielle, Lalitree | 0001 | MTC-00015398
Darrell | 0001 | MTC-00021366
Darrenbacker, Todd | 0001 | MTC-00015543
DarStwrt@ aol.com | 0001 | MTC-00008795
Daryl Nash | 0001 | MTC-00019705
DaSilva, Tom | 0001 | MTC-00008602
Datta, Robin | 0001 | MTC-00005214
Dattilo, Trey | 0001 | MTC-00000955
Dau, Brian & Miranda | 0001 | MTC-00024599
Daudelion, Mary E. | 0002 | MTC-00033532
Daupert, Dennis | 0001 | MTC-00024485
Dave | 0001 | MTC-00028794
Dave | 0001 | MTC-00018343
dave@ smtp2.chorus.net | 0001 | MTC-00019526
Davenport, Randy | 0001 | MTC-00024148
David | 0001 | MTC-00020960
David Hershberger | 0001 | MTC-00019746
davidlsiegel@ aol.com | 0001 | MTC-00010358
Davidson, J. Greg | 0001 | MTC-00000780
Davidson, James Gregory | 0001 | MTC-00018640
Davidson, Julie | 0001 | MTC-00027158
Davidson, Mike | 0001 | MTC-00013683
Davidson, Ronnie | 0001 | MTC-00013397
Davidson, Tom | 0001 | MTC-00000159
Davis, Bill | 0001 | MTC-00012887
Davis, Blair | 0001 | MTC-00001140
Davis, Bob | 0001 | MTC-00016605
Davis, Charles | 0001 | MTC-00032070
Davis, Elemora | 0001 | MTC-00025520
Davis, Heath | 0002 | MTC-00002128
Davis, Janet | 0001 | MTC-00023376
Davis, Jerame | 0001 | MTC-00001593
Davis, Jimmy | 0001 | MTC-00003399
Davis, Joseph | 0001 | MTC-00006497
Davis, Kelly | 0001 | MTC-00001499
Davis, Morris | 0001 | MTC-00030932
Davis, N. W. | 0001 | MTC-00026803
Davis, Nathaniel | 0001 | MTC-00020038
Davis, Samuel | 0002 | MTC-00031868
Davis, Verlyn | 0002 | MTC-00025330
Davis, William A. | 0001 | MTC-00013092
Dawsno, Paul Dow | 0001 | MTC-00030550
Day, Gordon | 0001 | MTC-00007236
Day, Jim | 0001 | MTC-00026385
Day, John | 0001 | MTC-00006144
Day, Mariah | 0001 | MTC-00002156
dbnee@ mc.net | 0001 | MTC-00028247
Dcasola@ aol.com | 0001 | MTC-00023308
dchadwell@ executive.com | 0001 | MTC-00028594
ddd153@ psu.edu | 0001 | MTC-00028651
De Campo, Teruel | 0001 | MTC-00026028
De Jong, Phil | 0001 | MTC-00006927
De Uries, Nico | 0001 | MTC-00001138
De Vos, Eelko | 0001 | MTC-00001147
Dean Chouinard | 0001 | MTC-00019748
Dean, Malcolm | 0001 | MTC-00023992
Dean, Robert | 0001 | MTC-00019125
Dean, Tom | 0001 | MTC-00009309
Deans, Jason | 0001 | MTC-00029839
Deasy, Neil | 0001 | MTC-00015266
DeBois, Bryan | 0001 | MTC-00008391
DeClarie, Alton | 0001 | MTC-00008026
Dee, Avery E. | 0001 | MTC-00001183
Deed, Robert | 0001 | MTC-00020989
Deems, Zackery D. | 0002 | MTC-00000225
Deez, Smac | 0001 | MTC-00018233
Deggansr@ mbxinc.com | 0001 | MTC-00010861
DeGroff, Helen B. | 0001 | MTC-00011804
DeGroot, Don | 0002 | MTC-00014025
Dehaan, Cody | 0001 | MTC-00003464
Dehghan, David | 0001 | MTC-00025145
Dejako, Florian | 0001 | MTC-00002247
Deland, Rosemary | 0001 | MTC-00008107
Delaney, Larry | 0001 | MTC-00032403
Delgado, Albert | 0001 | MTC-00028687
Delio, Richard M | 0004 | MTC-00009789
Dell, Robert | 0001 | MTC-00030686
Dellert, Brian | 0002 | MTC-00018697
Delos Santos, Dayny | 0001 | MTC-00023887
Delos Santos, Justin | 0001 | MTC-00023884
Delos Santos, Lina | 0001 | MTC-00023885
DelYaer, Alexander | 0001 | MTC-00033585
DeMar, Paul | 0001 | MTC-00008422
Demark, Ken | 0001 | MTC-00029037
Dengel, Daniel | 0001 | MTC-00008360
Denheyer, Brian | 0001 | MTC-00001127
Dennis, Don | 0002 | MTC-00010756
Dennis, Ryan | 0001 | MTC-00021546
Dennison, Jeff | 0001 | MTC-00002974
Dennison, Jim | 0002 | MTC-00033270
Denniston, Denny | 0001 | MTC-00023044
Denny | 0001 | MTC-00023910
Denny | 0001 | MTC-00033394
Denny Napier | 0001 | MTC-00019744
Derentz, Landon | 0001 | MTC-00029420
Deriau, Lisa J. | 0001 | MTC-00028249
DeRoshia, Dixie | 0001 | MTC-00008043
Derricott, Mark | 0001 | MTC-00022775
Deshazo, Claude V. | 0001 | MTC-00030171
det1124@ aol.com | 0001 | MTC-00021341
Deterding, Pastor | 0001 | MTC-00022725
Detert, Miriam | 0001 | MTC-00032364
DeTinne, David | 0001 | MTC-00017573
Devereaix. Keam | 0001 | MTC-00014751
devicwise@ hotmail.com | 0001 | MTC-00028072
Dew, Matt | 0001 | MTC-00016955
Dewald, J. Gahlord | 0001 | MTC-00024122
DeWalt, Stephen | 0001 | MTC-00032385
Dewire, Robert & Carol | 0001 | MTC-00008041
DeWitt, James | 0001 | MTC-00022646
dfessen@ tetranet.net | 0001 | MTC-00010878
dhoy1@ hoy1consulting.com | 0001 | MTC-00014571
Dhwan, Prem | 0001 | MTC-00011656
Diaeger, Christel | 0001 | MTC-00029761
Diamante, Marc | 0001 | MTC-00027373
DiBeredetto, R. | 0001 | MTC-00011843
DiBlasi, Rich | 0001 | MTC-00010249
Dickerson, David | 0001 | MTC-00022966
Dickey, Alan | 0001 | MTC-00017434
Dickson, Robert | 0001 | MTC-00020352
Dieckman, Mary Ann | 0001 | MTC-00028810
Diefferbach, Otto | 0001 | MTC-00008193
Diegel, Jules | 0001 | MTC-00022139
Diehl, Rose | 0002 | MTC-00031601
Diersbock, Marcus | 0004 | MTC-00030670
Diersbock, Markur | 0003 | MTC-00003766
Diesel | 0001 | MTC-00023787
Diesner, Gerhard | 0001 | MTC-00026683
Dieterich, Thomas | 0001 | MTC-00033141
Dietrichson, Lars Fredrik | 0001 | MTC-00021722
digger160@ msn.com | 0001 | MTC-00014527
DiGiovanni, Lucio | 0001 | MTC-00010545
Digusted in Austin | 0001 | MTC-00001097
Dimaiowood@ aol.com | 0001 | MTC-00029026
Dimmitt, Herbert Bruce | 0001 | MTC-00014814
Dindy, Daivd | 0001 | MTC-00030300
Dinovo, Gene | 0001 | MTC-00025809
DiPalma, Carol | 0001 | MTC-00031281
Dipasquale, Tobias | 0002 | MTC-00023838
Diplock, David | 0001 | MTC-00024625
Dirkse, Anne | 0001 | MTC-00024480
Dirkson, Bart | 0001 | MTC-00020625
DiRocco, Arlene A. | 0001 | MTC-00008444
Distin, Ruth A. | 0001 | MTC-00026585
Divito, Charlanne | 0001 | MTC-00005810
Dixon, Benjamin | 0001 | MTC-00026158
Dixon, David | 0001 | MTC-00002420
Dixon, Hunter | 0001 | MTC-00017961
Dixon, Meredith | 0002 | MTC-00004312
dmckee@ ionet.net | 0001 | MTC-00014518
dnorton | 0001 | MTC-00021353
Dobbins, Chris | 0001 | MTC-00026392
Dobmeier, Collette | 0001 | MTC-00025831
Doc, Gordon | 0001 | MTC-00020606
Dockstader, Harriet G. | 0001 | MTC-00006939
docpos@ juno.com | 0001 | MTC-00025811
Dodgson@ mail.owc.net | 0001 | MTC-00001180
Doern, B. L. | 0001 | MTC-00009651
Doerr, Mark | 0002 | MTC-00001911
doj@ lentner.com | 0001 | MTC-00019837
Dolan, Kathleen | 0001 | MTC-00027344
dolanwpdctown@ aol.com | 0001 | MTC-00011324
Dollar, Bob | 0001 | MTC-00005465
Doman, Pat | 0001 | MTC-00012737
Domenech, Laurent | 0001 | MTC-00001133
Domenech, Laurent | 0001 | MTC-00027716
Domenico, Steve | 0001 | MTC-00015498
Dominque, Jules | 0001 | MTC-00008941
Dompier, Jim | 0001 | MTC-00000317
Don | 0001 | MTC-00007753
Don | 0001 | MTC-00027167
Donahue, Joseph F. | 0001 | MTC-00007437
donalddreifus@ yahoo.com | 0001 | MTC-00012752
donamill@ bellsouth.com | 0001 | MTC-00010873
Donnell, Sam | 0001 | MTC-00000560
Donnelly, Brian | 0001 | MTC-00021929
Donnorman | 0001 | MTC-00020263
Donohue, Kathleen | 0001 | MTC-00022986
dont@ tushauscpa.com | 0001 | MTC-00014531
Doorge, Peter | 0001 | MTC-00020780
Dorner, Jinny | 0001 | MTC-00009472
Dosser, Ralph | 0001 | MTC-00016932
dotjim50@ earthlink.net | 0001 | MTC-00010473
Doug | 0001 | MTC-00000211
Doug | 0001 | MTC-00002021
Dougherty, Jim | 0001 | MTC-00009326
Dougherty, Jim | 0001 | MTC-00009330
Dougherty, Joseph H. | 0001 | MTC-00000177
Douglas, Freda | 0001 | MTC-00021622
Douglas, Thackery | 0001 | MTC-00021739
Douglas, Tim | 0001 | MTC-00018784
Downing, Gary | 0001 | MTC-00020763
Downing, Lisa | 0001 | MTC-00025652
Downs, James and Christianna | 0002 | MTC-00029820
Downward, James G. | 0001 | MTC-00001455
Doyle, Joseph | 0001 | MTC-00008424
Doyle, Sharon | 0001 | MTC-00030831
Doynter, Dan | 0001 | MTC-00001419
dp@ antariodesign.com | 0001 | MTC-00028632
dpatel@ aocpt.org | 0001 | MTC-00021349
dpost@ waypt.com | 0001 | MTC-00028177
Dr. Williams Ledsham | 0002 | MTC-00019742
Drabb, James | 0001 | MTC-00019416
Dragone, Michael | 0001 | MTC-00024626
Drake, Jeff | 0001 | MTC-00002297
Dresback, Chuck | 0001 | MTC-00000079
Drew | 0001 | MTC-00013607
Dreyer, Arek | 0001 | MTC-00026423
Driks, Jordan | 0001 | MTC-00030552
Driscoll, Patrick | 0001 | MTC-00025688
Driskill, Jim | 0001 | MTC-00001272
Dromgoole, Charlie | 0001 | MTC-00033451
Droy, Stanley | 0001 | MTC-00027714
Droz, John | 0001 | MTC-00001398
Druck, Jon | 0001 | MTC-00015218
drwhom@ valleyalley.com | 0001 | MTC-00028097
drwhom@ valleyalley.com | 0001 | MTC-00010356
Du Plessis, Jacques | 0001 | MTC-00022512
duanej@ microsoft.com | 0001 | MTC-00024242
Dubin, Corey | 0001 | MTC-00015625
Duchene, Patricia | 0001 | MTC-00008783
Duff, Michael | 0001 | MTC-00027702
Duffey, Joseph | 0001 | MTC-00005269
Duffy, Megan | 0001 | MTC-00025733
Duffy, Robert | 0004 | MTC-00009409
Dufresne, Walter | 0001 | MTC-00001375
Dugan, Bill | 0001 | MTC-00016183
Dugan, Bill | 0001 | MTC-00016187
Dujardin-Terry, Jason | 0001 | MTC-00016520
Dun, Jay | 0001 | MTC-00016202
Dunbar, Scott | 0003 | MTC-00000662
DunCanson, Kristin W. | 0002 | MTC-00031738
Dunlap, Kathleen | 0001 | MTC-00005447
Dunn, Jack | 0001 | MTC-00019488
Dunn, John | 0001 | MTC-00029054
Dunn, Marleine | 0001 | MTC-00023641
Dunn, Richard | 0001 | MTC-00027219
Dunn, Robert | 0001 | MTC-00023627
Dunstan, Al W. | 0001 | MTC-00002784
Dunton, Sharon | 0001 | MTC-00001750
Duran, Anthony J. | 0001 | MTC-00002222
Durkin, Michael | 0001 | MTC-00026793
Durso, Margaret | 0001 | MTC-00002179
Dush, Cris | 0002 | MTC-00018660
Dutcher, Terry | 0001 | MTC-00018602
Duval, Smythe | 0003 | MTC-00001618
DuVal, Smythe | 0003 | MTC-00001850
dwb15@ juno.com | 0001 | MTC-00010890
dwdonaway@ juno.com | 0001 | MTC-00010917
dweist@ buckeye-express.com | 0001 | MTC-00025085
Dworkin, Paul | 0001 | MTC-00017552
Dwyer, Julian | 0002 | MTC-00025055
dyankee@ chartermi.net | 0001 | MTC-00016032
Dyer, Mark | 0001 | MTC-00007178
Dyer, Sharrie | 0001 | MTC-00007017
Dyke, Herbert | 0001 | MTC-00026486
Dykeman, Jim | 0001 | MTC-00014454
Dykstra, Willea | 0001 | MTC-00020673
Dylutra, Akavar | 0001 | MTC-00003243
Dzeshchanka, Aliaksandr | 0001 | MTC-00021909
e-fehling@ hotmail.com | 0001 | MTC-00014559
E., M. | 0001 | MTC-00017137
Eadsley, Michael | 0001 | MTC-00026201
eagle1941@ yahoo.com | 0001 | MTC-00016018
Earnst, Sylvia | 0001 | MTC-00028668
Eastwood, Ben | 0001 | MTC-00001429
Eastwood, Ben | 0001 | MTC-00018188
Eaton, Roger | 0001 | MTC-00002325
Ebaugh, Mark | 0001 | MTC-00021924
Ebeling, Steven | 0001 | MTC-00000533
Eberle, Paul | 0001 | MTC-00017046
Eby, David | 0001 | MTC-00019913
Echamique, Frank | 0001 | MTC-00025656
Eckat, Joshua | 0001 | MTC-00024145
Eckman, Travis | 0001 | MTC-00015351
Eclausner@ aol.com | 0001 | MTC-00005543
ecot0001@ midsouth.rr.com | 0001 | MTC-00014537
ecwilde@ prodigy.net | 0001 | MTC-00014495
ED | 0001 | MTC-00028237
edaveforeman@ aol.com | 0001 | MTC-00010383
EddieELR@ aol.com | 0001 | MTC-00009147
Eden, Noble | 0001 | MTC-00025265
edwadding@ juno.com | 0001 | MTC-00010469
Edwards, Alan | 0001 | MTC-00027191
Edwards, Donn | 0002 | MTC-00001141
Edwards, Mike | 0001 | MTC-00029429
Edwards, Ronald | 0001 | MTC-00001434
Edwardson, Zach | 0001 | MTC-00000433
eeldon@ juno.com | 0001 | MTC-00028591
EES724@ aol.com | 0001 | MTC-00006930
Egan, T.K. | 0001 | MTC-00027331
Egge, Nathan | 0001 | MTC-00018006
Einhorn, Richard | 0001 | MTC-00023669
Eischen, Stan | 0001 | MTC-00030588
Eisenberger, Gary | 0001 | MTC-00026099
EJB2010@ aol.com | 0001 | MTC-00006857
ejmms@ aol.com | 0001 | MTC-00015967
Ekeberg, Goran | 0001 | MTC-00003517
El Sawy, Soraya | 0001 | MTC-00007994
Elfers, Richard and Priscilla | 0001 | MTC-00009376
Eliason, Bob | 0001 | MTC-00001544
elisabeth.koch@ excite.com | 0002 | MTC-00016554
Ellenberg, George | 0001 | MTC-00015024
Ellet, Albert | 0001 | MTC-00025832
Elliot, B. | 0001 | MTC-00006197
Elliot, Christopher | 0001 | MTC-00021910
Elliot, Robert | 0001 | MTC-00022321
Ellis Hillinger | 0001 | MTC-00019732
Ellis, Adam | 0001 | MTC-00023093
Ellis, Robert | 0001 | MTC-00031871
Ellison, Frances | 0001 | MTC-00010148
Ellison, Jan | 0001 | MTC-00021472
Ellsworth, Scott | 0002 | MTC-00026379
Elmore, Brad | 0001 | MTC-00018717
elroberson@ juno.com | 0001 | MTC-00028077
Emani, Mfume | 0001 | MTC-00033504
Emery, Carolyn | 0001 | MTC-00011901
Emesser1@ cs.com | 0001 | MTC-00009177
Emmert, Nancy | 0001 | MTC-00032332
emo101@ juno.com | 0001 | MTC-00011130
Emra, John | 0001 | MTC-00009929
Endelman, William | 0001 | MTC-00006105
Endicott, John | 0001 | MTC-00018381
Engberg, Erik | 0001 | MTC-00030698
engel,Jim | 0001 | MTC-00030519
Englihs, Alba | 0001 | MTC-00029647
Engstrom, William | 0001 | MTC-00032372
Enos, Sharon | 0001 | MTC-00021634
Epple, Todd | 0001 | MTC-00030289
ERB1927@ aol.com | 0001 | MTC-00029226
ericjle@ swbell.net | 0001 | MTC-00014508
Erickson, D. | 0001 | MTC-00019454
Erickson, Dave | 0001 | MTC-00019795
Erickson, Don | 0001 | MTC-00019863
Erickson, Gina L. | 0001 | MTC-00024753
Erickson, John | 0001 | MTC-00006149
Erickson, Leland | 0001 | MTC-00008425
Ericson, Bryan | 0001 | MTC-00015511
Errico, Stephen | 0002 | MTC-00007419
eruthdubuisson@ prodigy.net | 0001 | MTC-00028610
Ervin, Craig | 0001 | MTC-00005650
Eschegaray, Fernando | 0001 | MTC-00013830
Eschman, Mike | 0001 | MTC-00015213
Eselgroth, Ted | 0001 | MTC-00000790
Eshler, Todd | 0001 | MTC-00018103
ESkander, Maria | 0002 | MTC-00027726
Eslcandre, Jonathan | 0001 | MTC-00027721
Esposito, Nicholas T. | 0002 | MTC-00025346
Esterkin, Rachad | 0001 | MTC-00017592
etspam@ tds.net | 0001 | MTC-00014681
Eugel, Joseph | 0001 | MTC-00031065
Eugene Poole | 0001 | MTC-00019741
Evaanch@ aol.com | 0001 | MTC-00014415
Evans, Chris | 0003 | MTC-00023850
Evans, Don | 0001 | MTC-00015395
Evans, Elizabeth | 0001 | MTC-00007241
Evans, Gina | 0001 | MTC-00018345
Evans, James G. | 0001 | MTC-00000215
Evans, Kevin | 0001 | MTC-00000351
Evans, Owen | 0001 | MTC-00016329
Evans, Robert | 0001 | MTC-00028100
Ewald, Robert | 0001 | MTC-00028059
Ex World Internet News | 0001 | MTC-00000016
expressflowers@ juno.com | 0001 | MTC-00010870
Eye, Sean | 0001 | MTC-00021169
Ezell, William | 0001 | MTC-00018649
ezrider@ famrc.org | 0001 | MTC-00007420
Ezrine, Paonia | 0001 | MTC-00019218
F., Frank | 0001 | MTC-00032097
Fa?, City of Santa Barbara | 0001 | MTC-00030546
Fabiani, John | 0001 | MTC-00002928
Fabnetti, Ron | 0001 | MTC-00033267
Fahrlander, Brian | 0003 | MTC-00003354
Faillace, Cynthia | 0001 | MTC-00031886
fairhill@ earthlink.net | 0002 | MTC-00019881
fakkos@ hotmail.com | 0001 | MTC-00014544
Falatko, Jerry | 0001 | MTC-00017191
Fallah, Saeed | 0001 | MTC-00030904
Faludi, Jeremy | 0001 | MTC-00000087
Fang, Michelle | 0001 | MTC-00023370
Fang, Weiqiang | 0001 | MTC-00004887
Fankhauser, Henrietta | 0001 | MTC-00013189
far-iman@ msn.com | 0001 | MTC-00011321
Farber, Jay | 0001 | MTC-00026830
Faria, Ronald | 0001 | MTC-00021221
Farina, Anita | 0001 | MTC-00010540
Farwell, Ken | 0001 | MTC-00018670
Farwell, Nick | 0001 | MTC-00001841
Farwick, Brent | 0001 | MTC-00004910
Fascher, Harvey | 0001 | MTC-00006005
Fass, Alice | 0002 | MTC-00030592
Fass, Bill | 0001 | MTC-00022976
Fauer, Ron | 0002 | MTC-00000569
Faughn, Justin | 0001 | MTC-00023979
Faure, Steve | 0001 | MTC-00020575
Fautch, William R. | 0002 | MTC-00026883
Fazekas, Bryan | 0001 | MTC-00000044
fbb@ linux.net.cn | 0001 | MTC-00019511
Fehr Jarred | 0001 | MTC-00024563
Feinstein, Marlene and Alan | 0001 | MTC-00008728
Feldman, Geoffrey | 0002 | MTC-00022819
Felizando, Claude | 0001 | MTC-00020031
Felsberg, Robert | 0001 | MTC-00008642
Feltner, Karen | 0002 | MTC-00013793
Felton, James E. | 0001 | MTC-00000186
Felton, Thom | 0001 | MTC-00018413
Fenimore, Dale | 0002 | MTC-00000504
Fenno, Don and Arlene | 0001 | MTC-00030516
Fenske, J anice | 0001 | MTC-00012693
Ferguson, Patricia | 0001 | MTC-00031875
Ferry, Michael E. | 0001 | MTC-00018669
Fester, Dale | 0001 | MTC-00009670
Fette, Keith | 0002 | MTC-00009562
Feyertag, Ethel | 0001 | MTC-00009306
feynerstation@ hotmail.com | 0001 | MTC-00028245
Fick, Ollie | 0001 | MTC-00006134
Fiedor, Kent | 0001 | MTC-00006128
Fiegas, Barbara | 0001 | MTC-00027733
Field, Tom | 0001 | MTC-00021560
Fies, Michael | 0001 | MTC-00031283
Fife, Donald A. | 0001 | MTC-00006318
Fife, Donald A. | 0001 | MTC-00012927
Figg, Ann Ruth & Eugene | 0001 | MTC-00001361
Figungho, Semper | 0001 | MTC-00002105
Filar, Kenneth | 0001 | MTC-00000917
Finch, William | 0001 | MTC-00013933
Finell, R. | 0001 | MTC-00000165
Finesmith, Max | 0001 | MTC-00028859
Finnegan, Patrick | 0001 | MTC-00016913
Finnegan, Robert | 0001 | MTC-00022866
Fiori, Vanessa | 0001 | MTC-00031598
Firth, Jenny | 0002 | MTC-00009113
Fischer, Betty | 0001 | MTC-00026369
Fischer, Mark | 0001 | MTC-00021607
Fish, Chris | 0001 | MTC-00015539
Fisher | 0001 | MTC-00033417
Fisher, Brian M. | 0001 | MTC-00015489
Fisher, Charles | 0001 | MTC-00006146
fisher, David | 0001 | MTC-00022548
Fisher, John | 0001 | MTC-00031867
Fisher, Mariann | 0001 | MTC-00007446
Fisher, Robert A. | 0001 | MTC-00009167
Fisk, Edie L. | 0001 | MTC-00000559
Fisk, Kevin | 0001 | MTC-00004868
Fitch, Kevin | 0001 | MTC-00016507
Fitch, Micah | 0002 | MTC-00014408
Fitzgerald, Shawn | 0001 | MTC-00000927
Fitzpatrick, Adrian M. | 0001 | MTC-00028017
Fiukberner, David | 0001 | MTC-00022867
Fj568@ juno.com | 0001 | MTC-00010428
Flanegan, Christina | 0001 | MTC-00011199
Flatline, Dixie | 0001 | MTC-00020167
Flavien@ aol.com | 0001 | MTC-00005335
Fleishman, Raphael | 0001 | MTC-00024593
Fleming, Grant J. | 0001 | MTC-00021712
Fleming, Mark | 0001 | MTC-00030727
Fleming, Ned | 0001 | MTC-00025819
Fletcher, Michael | 0002 | MTC-00033291
Fletcher, Philip | 0002 | MTC-00021521
Flickinger, Reid | 0001 | MTC-00028659
Flood, Graham | 0001 | MTC-00005475
Fluty, Josh | 0001 | MTC-00024471
Flynn, Ryan | 0001 | MTC-00015414
Flynn, Sean | 0001 | MTC-00001320
Foldenaur, Matthew | 0001 | MTC-00005492
Foley, John | 0001 | MTC-00001258
Folger, Troy | 0001 | MTC-00021714
Folk, John | 0001 | MTC-00021854
Fong, hester | 0001 | MTC-00032405
Fontenot, Ross | 0001 | MTC-00008506
Forat, Eric D. | 0001 | MTC-00002198
Forbes, James E. | 0001 | MTC-00000970
Ford, Ben | 0001 | MTC-00018323
Ford, Fred C. | 0001 | MTC-00002103
Ford, Jim | 0001 | MTC-00028576
Ford, Stan | 0001 | MTC-00002187
Forde, George S. Jr. | 0003 | MTC-00010366
Forest, Carl | 0002 | MTC-00029013
Forester, Carl | 0001 | MTC-00005175
Fornadley, B. J. | 0001 | MTC-00005549
Forr, John | 0001 | MTC-00016133
Forslund, Curtis | 0001 | MTC-00006112
Forster, Connie and Tom | 0001 | MTC-00009158
Forster, Rudolph | 0001 | MTC-00025312
Forte, Heather | 0001 | MTC-00030928
Fortlage, J. | 0001 | MTC-00026148
Fortmann, Keith | 0002 | MTC-00031880
Foshee, Dave | 0001 | MTC-00006517
Foster, Harry | 0001 | MTC-00002864
Foster, L.C. | 0001 | MTC-00007660
Fox, Don | 0001 | MTC-00012723
Fox, Donald | 0001 | MTC-00025679
Fox, John | 0001 | MTC-00002289
Fox, John K. | 0001 | MTC-00022686
Fox, Paul | 0001 | MTC-00000085
Fox, Robert | 0002 | MTC-00011392
Fox, Steve | 0001 | MTC-00025671
Fox, Steve | 0001 | MTC-00019657
Frame, Arthur | 0002 | MTC-00003432
Francie521@ aol.com | 0001 | MTC-00009831
Frank 249 | 0001 | MTC-00000717
Frank Maglio | 0001 | MTC-00019738
frankcaicedo@ hotmail.com | 0001 | MTC-00028592
Frankcards@ hotmail.com | 0001 | MTC-00014660
Franks, John | 0001 | MTC-00015744
Frans De Wet | 0001 | MTC-00019760
Franttini, Ryamond F. | 0001 | MTC-00026195
Fraser, Martin | 0001 | MTC-00003802
Frazier, Len | 0001 | MTC-00025662
Frazier, Shon | 0001 | MTC-00024358
Frebbairn, Shawn | 0001 | MTC-00001364
Frederick, Terry | 0002 | MTC-00026751
Freedman, David | 0001 | MTC-00005287
Freedman, Gordie | 0001 | MTC-00023592
Freeman, Brian | 0001 | MTC-00025276
Freeman, Howard and Elaine | 0001 | MTC-00005441
Freeman, Robyn | 0001 | MTC-00027230
Freidman, Warren | 0001 | MTC-00008382
Freiheit | 0001 | MTC-00019654
French, Larry | 0001 | MTC-00027075
Frew, Jack | 0001 | MTC-00009191
Frey, Eric | 0001 | MTC-00015370
Frey, Matthew James | 0001 | MTC-00018254
Friedenson, Bernard | 0001 | MTC-00006157
Friedlander, Erik | 0001 | MTC-00025669
Friedman, Lauren | 0001 | MTC-00008006
Friedman, Lauren | 0001 | MTC-00008005
Friedman-Hill, Ernest | 0001 | MTC-00015022
Fritsch, Joshua | 0001 | MTC-00019696
Froc, Randy | 0001 | MTC-00024443
Frondorf, Judson | 0001 | MTC-00032121
Froyd, Helen | 0001 | MTC-00025080
Frsucurtis@ aol.com | 0001 | MTC-00014675
Frudenberg, Robert | 0001 | MTC-00033822
Fruttero, John | 0002 | MTC-00025380
Fry, Steve | 0001 | MTC-00018373
Frye, Mike | 0001 | MTC-00008010
Frye, Timothy | 0001 | MTC-00022641
Fucci, Ann | 0001 | MTC-00006103
Fuchs, Dan | 0001 | MTC-00015201
fud@ usdoj.gov | 0001 | MTC-00016737
Fuertes, Andrew | 0001 | MTC-00025306
Fuhrmann, John | 0001 | MTC-00001720
Fulford, Domonic | 0001 | MTC-00020903
Fuller, Forrest | 0001 | MTC-00026378
Fuller, Simon | 0001 | MTC-00002973
Fullerton, David | 0001 | MTC-00030285
Fullmer, Boyce | 0001 | MTC-00032057
Fulmer, Bill | 0001 | MTC-00008858
Fulton, Charles | 0001 | MTC-00018689
Fulton, John | 0001 | MTC-00027338
Fuqua, Jim | 0001 | MTC-00011337
Fuqua, Stanley | 0001 | MTC-00025686
Furry, Brian | 0002 | MTC-00024141
Fusaris, Karl | 0001 | MTC-00004734
Fusek, John | 0001 | MTC-00026998
Fuy, Michael | 0001 | MTC-00001149
Fuzi, Jesse | 0001 | MTC-00018668
fvck-microsoftcmsn.com | 0001 | MTC-00024285
G4 | 0001 | MTC-00023396
Gaardegamp@ aol.com | 0001 | MTC-00008935
Gabel, Preston S. | 0001 | MTC-00018352
Gabriel, Flora | 0001 | MTC-00006184
Gabriel, Paul | 0001 | MTC-00026241
Gaii, Delos S | 0001 | MTC-00023878
Gaines | 0001 | MTC-00001088
Galante, Sam A. | 0001 | MTC-00011167
Galanti, Paul J. | 0001 | MTC-00002145
Galaska, Richard | 0001 | MTC-00031851
Gall, Randy | 0001 | MTC-00003318
Gallagher, Harry | 0001 | MTC-00025699
Gallardo, David | 0001 | MTC-00029422
Gallarzo, Luis G. | 0001 | MTC-00000185
Gallarzo, Luis G. | 0001 | MTC-00000187
Gallery, Richard | 0001 | MTC-00022679
Gallimore, Ronald | 0001 | MTC-00001743
gallivan@ usdoj.gov | 0001 | MTC-00000806
Gallop, Mike | 0001 | MTC-00005459
Galoway, Steven | 0001 | MTC-00022317
Galvin, Mark | 0001 | MTC-00021609
Galvin, Tom | 0001 | MTC-00026465
Gamble, Jim | 0001 | MTC-00019652
Ganiel, Kevin | 0001 | MTC-00000532
Gann, Troy | 0001 | MTC-00000083
Ganter, Jerome | 0001 | MTC-00024645
Garavanian, Avedis | 0001 | MTC-00008820
Garcia, Fernando | 0001 | MTC-00030924
Gardiner, Glenn | 0001 | MTC-00002243
Gardiner, Monterey | 0001 | MTC-00019679
Gardner, Ethel | 0001 | MTC-00013151
Gardner, Jay | 0001 | MTC-00000974
Gardner, Jay | 0001 | MTC-00000975
Garfoot, Roger D. | 0002 | MTC-00008748
Garland, Jeff | 0001 | MTC-00024583
Garniedottie@ aol.com | 0001 | MTC-00013836
Garon, Marc | 0001 | MTC-00027741
Garren, Jerry | 0001 | MTC-00022626
Garren, Jerry | 0001 | MTC-00022630
Garrie, Dave | 0001 | MTC-00025848
Garrie, Dave | 0001 | MTC-00020896
Garrison, Kevin | 0001 | MTC-00022200
Garvey, Bob | 0001 | MTC-00000774
Garvie, Dave | 0001 | MTC-00006188
Garvie, Dave | 0001 | MTC-00011589
Garvie, Lynne | 0001 | MTC-00008197
Gary | 0001 | MTC-00001000
Gary | 0001 | MTC-00017128
Gashitt, Phil | 0001 | MTC-00031183
Gashitt, Phil | 0001 | MTC-00031180
Gaskens, Ray | 0001 | MTC-00008024
Gatar | 0001 | MTC-00025524
Gatchel, Stan | 0001 | MTC-00017578
Gates, Billy and Elizabeth | 0001 | MTC-00008437
Gauthier, Roland | 0002 | MTC-00021906
Gavvey, Edward | 0001 | MTC-00029845
Gaytan, Francisco | 0001 | MTC-00020411
Gaziani, M.R. | 0001 | MTC-00030930
Gazin, James | 0002 | MTC-00001287
Gazley, Jef | 0001 | MTC-00005508
gcarm1@ juno.com | 0001 | MTC-00026223
Gede, Jim & Mary | 0001 | MTC-00009345
Gedney, Fred | 0001 | MTC-00026702
GeeBeeRacers@ aol.com | 0001 | MTC-00001777
Gehman, Philip | 0002 | MTC-00031242
Gehman, Roger W. | 0002 | MTC-00010610
Gelormine, Lou | 0001 | MTC-00030504
Gelston, John | 0001 | MTC-00004377
George, Bediako | 0002 | MTC-00018597
George, Harry | 0001 | MTC-00000525
George, Ray | 0001 | MTC-00001423
Geraci, Bill | 0001 | MTC-00001641
Geraghty, Kevin | 0001 | MTC-00018667
Gerard | 0001 | MTC-00003811
Gerdy, Rich | 0001 | MTC-00001274
Gerhart, Tom | 0001 | MTC-00030553
Gerlach, Ulrich | 0002 | MTC-00022335
Gerlach, Ward | 0001 | MTC-00015376
Gerontianos, Kerry | 0002 | MTC-00031861
Gertsch, Steve | 0001 | MTC-00011782
Gervais, Bob | 0001 | MTC-00021751
Geshard, Kerry | 0001 | MTC-00024596
Getz, Steve | 0001 | MTC-00024620
Gevaert, Thomas | 0001 | MTC-00000465
Ghaly, Mark | 0002 | MTC-00025140
ghors7@ hotmail.com | 0001 | MTC-00028195
Ghost | 0001 | MTC-00018359
Gibson, Jim | 0007 | MTC-00031624
gibsourj@ nc.vv.com | 0001 | MTC-00028076
Gierach, William | 0001 | MTC-00020066
Giglio, MIchael | 0001 | MTC-00000397
Gil | 0001 | MTC-00005506
gil@ amrildev.org | 0001 | MTC-00014551
Gilber, Andrew | 0001 | MTC-00016914
Gilbert, Jeremiah | 0001 | MTC-00016646
Giles, Peter | 0002 | MTC-00017363
gillesdebordeaux@ hotmail.com | 0001 | MTC-00028597
Gillespie, Ryan Neil | 0001 | MTC-00017651
Gilliland, John | 0001 | MTC-00030589
Gilliland, Sterling | 0001 | MTC-00030693
Gillispie, Dean | 0001 | MTC-00028672
Gilpatrick, George | 0001 | MTC-00019752
Gilvery, T. Shannon | 0001 | MTC-00021888
Gimple, Warren E. | 0001 | MTC-00002041
Gin-Howard, Y. Silva and Malcolm | 0001 | MTC-00015527
Giner-Sorolla, Roger | 0001 | MTC-00017767
Gipson, Connie | 0001 | MTC-00009745
Girard, Robert and Shirley | 0001 | MTC-00006168
Girdner, Rick | 0001 | MTC-00028880
girls@ citigraphics.com | 0001 | MTC-00028081
Girodano, Khouri | 0001 | MTC-00017205
Gish, Bill | 0001 | MTC-00022378
Gittleman, Art | 0001 | MTC-00023000
Givens, Gregg | 0002 | MTC-00002874
gkern | 0001 | MTC-00025844
Glass, Jason C. | 0001 | MTC-00018776
Glass, Werner | 0001 | MTC-00005788
Glassey, Peter | 0001 | MTC-00022346
Glazer, Jeanne Sarfaty | 0001 | MTC-00024944
Gleason, John | 0002 | MTC-00030668
glen@ newhopemin.org | 0001 | MTC-00014676
globarr@ yahoo.com | 0001 | MTC-00014530
gmasterson@ buffalocomputergraphics.com | 0001 | MTC-00012727
Goddard, Virginia | 0001 | MTC-00013625
Godfree, Nathanna | 0007 | MTC-00030679
Godfrey, Nancy | 0001 | MTC-00023888
Godfrey, Robert | 0001 | MTC-00002193
Godlool, Anil | 0001 | MTC-00025354
Goeppele, Mary Ann | 0001 | MTC-00029416
Goerwitz, Richard | 0001 | MTC-00003148
gogoris, Adda | 0001 | MTC-00006636
Goguen, Stephen | 0001 | MTC-00015364
Goldbeck, Sandra | 0001 | MTC-00026225
Golden, David A. | 0001 | MTC-00018683
Goldenberg, Marvin | 0001 | MTC-00029850
Goldsby, Steve | 0001 | MTC-00002611
Goldshlack, Dan | 0001 | MTC-00018692
Goldstein, David | 0001 | MTC-00031896
Golovin, Paul | 0001 | MTC-00003698
Goltiaux, Gloria | 0001 | MTC-00008312
Golwala, Gautam | 0001 | MTC-00017869
Gombos, Ray | 0001 | MTC-00032085
Gombro, Michael | 0002 | MTC-00005478
Gomez, Lou | 0002 | MTC-00030678
Gon, LK | 0001 | MTC-00023763
Gonjon, Quincin | 0002 | MTC-00004954
Gontrez, Pete | 0001 | MTC-00032120
Gonyea, Chris | 0001 | MTC-00000795
Gonzalez, Herbert | 0001 | MTC-00025873
Goodheart, Ron | 0001 | MTC-00018294
Goodm, Lance | 0002 | MTC-00030691
Goodman, Ron | 0001 | MTC-00000828
Goodpastor, Walt | 0001 | MTC-00027737
Goodrich, David J. | 0001 | MTC-00029631
Goodrum, Theresa | 0001 | MTC-00026312
Goodwin, David | 0001 | MTC-00017560
Goodwin, Edwin | 0001 | MTC-00025685
Goodwin, Wilbur | 0001 | MTC-00030823
goofy1432@ goofy1432.dhs.org | 0001 | MTC-00018403
Goossen, Matthew G. | 0001 | MTC-00001707
Gordon, Russell | 0001 | MTC-00025422
Gordon, Shawn | 0001 | MTC-00030683
Gorelick, Elliott | 0001 | MTC-00016328
Gorham, Joyce L. | 0001 | MTC-00033154
Gorman, Doug | 0001 | MTC-00022183
Gorman, William | 0001 | MTC-00018073
Gott, Forrest | 0001 | MTC-00002590
Gottshalk, Tom | 0002 | MTC-00005395
Goudelocke, Ryan M. | 0001 | MTC-00019698
Goudhamer, Gary | 0002 | MTC-00027734
Gould, David | 0001 | MTC-00000939
Goun, Matt | 0001 | MTC-00028288
Gouss, Bernard | 0001 | MTC-00006690
Gowans, James | 0001 | MTC-00013424
Gowarty, Mark | 0002 | MTC-00010637
Gowland, George | 0001 | MTC-00005502
Goyder, Russell | 0001 | MTC-00015116
GPM | 0001 | MTC-00014659
gpoppl@ juno.com | 0001 | MTC-00021948
Grace, Christopher | 0001 | MTC-00020252
Gracey, Jonathan | 0001 | MTC-00001594
Graham, Anthony | 0001 | MTC-00001935
Graham, Charles | 0002 | MTC-00001119
Graham, Emerson | 0001 | MTC-00008231
Graham, Michael | 0001 | MTC-00008978
Graham, Randall & Lynn | 0001 | MTC-00022358
Graham, Yvonne | 0001 | MTC-00001251
Graham-Smith, Darien | 0001 | MTC-00015519
Grahame | 0001 | MTC-00005489
Granberry, Curtis E. | 0001 | MTC-00006615
gransuzi@ aol.com | 0001 | MTC-00021414
Grant, David M. | 0001 | MTC-00028450
Grant, Todd | 0001 | MTC-00027161
Grantges, Terence W. | 0001 | MTC-00016587
Grantham, Mariann | 0001 | MTC-00015195
Grascbner, Randy | 0001 | MTC-00015093
Grassle, Betty | 0001 | MTC-00030284
Grauch, John | 0001 | MTC-00027227
Gravis, James | 0001 | MTC-00010364
Gray, Aidan | 0001 | MTC-00007078
Greater Bakersfield Chamber of Commerce | 0001 | MTC-00031182
Greeland, Gary | 0001 | MTC-00025482
Green, Ira and William | 0001 | MTC-00026371
Green, Randy | 0001 | MTC-00020862
Green, Rob | 0002 | MTC-00005466
Green, Rolly | 0001 | MTC-00021525
Greenbaumn, Leslie | 0001 | MTC-00013835
Greenberg, David | 0001 | MTC-00015345
Greene, James Doc | 0001 | MTC-00009160
Greene, Larry | 0001 | MTC-00008458
Greene, William | 0001 | MTC-00016942
Greenfield, Ed | 0001 | MTC-00025921
Greenhard, Theresa C. | 0001 | MTC-00008812
Greenhaw, Kevin | 0001 | MTC-00024456
Greenleaf, Robert | 0001 | MTC-00002108
Greenlees, Priscilla | 0001 | MTC-00031613
Greenwood, Brian | 0001 | MTC-00028569
Greg, Thomy | 0001 | MTC-00023881
Greger, Bradley | 0001 | MTC-00023867
Greger, Bradley | 0001 | MTC-00033362
Gregg, Guy | 0003 | MTC-00030303
Gregg, Randall | 0001 | MTC-00012587
Gregory, Adam | 0001 | MTC-00000514
Gregory, Barbara | 0001 | MTC-00007687
Greiner, Ronald W. | 0001 | MTC-00027630
Greulich, Peter E. | 0003 | MTC-00000489
Grider, Jason | 0001 | MTC-00016167
Griffen, Richard | 0001 | MTC-00000973
Griffin, Bruce | 0001 | MTC-00007511
Griffiths, K.S. | 0001 | MTC-00021383
Grimes, James T. | 0001 | MTC-00013764
Grimm, Brian | 0001 | MTC-00008793
Grimm, Kurt | 0001 | MTC-00009151
Grimsled, Milner | 0001 | MTC-00002287
Grimstad, Al | 0001 | MTC-00015241
Grissom, Marlene | 0001 | MTC-00028300
Gromet, Gary | 0001 | MTC-00000845
Gross, Gary | 0001 | MTC-00030905
Gross, Gertrude | 0001 | MTC-00030921
Grossblatt, | 0001 | MTC-00030192
Groubert, Steven | 0001 | MTC-00006553
Grove, Eileen and Wayne | 0001 | MTC-00006347
Gryska, Mark | 0001 | MTC-00027653
Gstier@ aol.com | 0001 | MTC-00006604
gstrange@ carolina.rr.com | 0001 | MTC-00010860
gtmc7@ earthlink.net | 0001 | MTC-00014547
Guadagne, Anthony | 0001 | MTC-00007022
Guay, Arthur | 0001 | MTC-00025059
Gube, William | 0001 | MTC-00020739
Guenette, Jacques | 0001 | MTC-00027685
Guervara, Carlos | 0002 | MTC-00025840
Guidry, Jason | 0001 | MTC-00019330
Guikey, Stan | 0001 | MTC-00005828
Guiltinan, Helen | 0001 | MTC-00012577
Guimont, Kelly | 0001 | MTC-00016583
Gullickson, Anita | 0001 | MTC-00030263
Guthridge, Calvin | 0001 | MTC-00005468
Gutman, Troy | 0001 | MTC-00020944
Guy, Kenneth J. | 0001 | MTC-00025192
guyc@ concentric.net | 0001 | MTC-00010381
Guzik, Larry | 0001 | MTC-00007084
Guzman-Moss, Gregory | 0001 | MTC-00005479
Guzzardi, Vince | 0001 | MTC-00022334
H., Dick | 0001 | MTC-00009303
Haas, George | 0003 | MTC-00030338
Habicht, John | 0001 | MTC-00033618
Hackenberger, Shirley A. | 0001 | MTC-00026663
Haddad, Jonathan | 0001 | MTC-00001469
Haddan, Ann | 0001 | MTC-00031272
Hafemann, dave | 0002 | MTC-00030290
Hagen, Andrew | 0001 | MTC-00019659
Hagen, Bruce | 0001 | MTC-00011013
Hager, Wes | 0001 | MTC-00007002
Hagerman, Alan | 0001 | MTC-00007670
Hagerty, George E. | 0001 | MTC-00012813
Haggerty, Glenn | 0001 | MTC-00031633
Hahn, Beth | 0002 | MTC-00030700
Haidl, Kevin | 0001 | MTC-00020356
Haislip, Charles | 0001 | MTC-00000689
Hale, Evan | 0001 | MTC-00025489
Hale, Laerence C. | 0001 | MTC-00012836
Hall, Brian | 0001 | MTC-00019343
Hall, Eric | 0001 | MTC-00001322
Hall, Kevin | 0001 | MTC-00002001
Hall, Kevin D. | 0001 | MTC-00002284
Hall, Larry | 0002 | MTC-00009466
Hall, Mary | 0001 | MTC-00012707
Hall, Robin | 0001 | MTC-00025813
Halloran, Richard S. | 0002 | MTC-00031644
Halmrast, Ted | 0001 | MTC-00000507
Halstead, Paul C. | 0001 | MTC-00027214
halsted6@ earthlink.net | 0001 | MTC-00028089
Halton, Howard H. | 0001 | MTC-00010125
Hamilton, David | 0001 | MTC-00015214
Hamilton, Steve | 0001 | MTC-00008363
Hamilton, Will | 0001 | MTC-00015225
Hamkins, Jon | 0001 | MTC-00018439
Hamlin Walker, Catherine | 0001 | MTC-00030167
Hamlin, Brian | 0001 | MTC-00001115
Hamm, Paul | 0001 | MTC-00021489
Hammer, Larry | 0001 | MTC-00023624
Hammill, Adam S. | 0001 | MTC-00028356
Hammond, Ed | 0001 | MTC-00025826
Hammonds, Jerome | 0001 | MTC-00000543
Hampton, Roberta | 0001 | MTC-00022964
Hamzeh, Kary | 0001 | MTC-00027418
Han, Andrew | 0001 | MTC-00025512
Handman, Robert | 0001 | MTC-00031608
Handy, Bob | 0002 | MTC-00030544
Haner, Milton and Judith | 0002 | MTC-00031625
Hanford, Gordon and Diane | 0002 | MTC-00031291
Hanke, David | 0001 | MTC-00027299
Hankins, Phillip | 0001 | MTC-00019668
Hanks, Darrel | 0001 | MTC-00024086
Hann, Lenn | 0001 | MTC-00025439
Hanneken, Catherine | 0001 | MTC-00026532
Hannum, Daniel J. | 0001 | MTC-00019689
Hansan, David | 0001 | MTC-00023803
Hansan, P.B. | 0001 | MTC-00005574
Hansen, Brian J. | 0001 | MTC-00019148
Hansen, Javeed | 0001 | MTC-00021103
Hanser, Ron | 0001 | MTC-00030591
Hanson, Todd | 0001 | MTC-00015803
Haparanater, Dean W. | 0001 | MTC-00000729
Harclerode, Robert | 0001 | MTC-00029824
Harcourt, Ray | 0001 | MTC-00007778
Hardage, Samuel A. | 0002 | MTC-00031622
Harden | 0001 | MTC-00002100
Hardenbergh, Jan C. | 0001 | MTC-00019335
Harding, Nathaniel | 0001 | MTC-00010897
Harding, Russell | 0001 | MTC-00024582
Haridim, Paul | 0001 | MTC-00023863
Harkess, Devek | 0001 | MTC-00022874
Harkoner, Slick | 0003 | MTC-00003745
Harley, Steve | 0001 | MTC-00001926
Harman, Ed | 0002 | MTC-00009808
Harman, Tony | 0001 | MTC-00002853
harmazd@ castellan.net | 0001 | MTC-00021417
Harmon, Chris | 0001 | MTC-00017001
Harold, Richard and Phyllis | 0001 | MTC-00009337
Harper, Douglas | 0001 | MTC-00008943
Harrell, Brad | 0001 | MTC-00027500
Harris, Andrew | 0001 | MTC-00001924
Harris, Bob | 0001 | MTC-00018229
Harris, George | 0001 | MTC-00006115
Harris, Grace | 0001 | MTC-00009687
Harris, J. C. | 0001 | MTC-00031806
Harris, John | 0001 | MTC-00000723
Harris, John | 0001 | MTC-00019793
Harris, John | 0001 | MTC-00007012
Harris, Marilyn | 0001 | MTC-00027676
Harris, Oliver | 0001 | MTC-00028662
Harris, Rick | 0001 | MTC-00020466
Harris, Ronnie | 0001 | MTC-00008354
Harris, Wylie | 0001 | MTC-00026784
harrisr@ kochind.com | 0001 | MTC-00021436
Harrod, Andrew | 0001 | MTC-00010547
harry—sharp@ msn.com | 0001 | MTC-00028211
Harszlak, Michael | 0001 | MTC-00015718
Hart, Ed | 0001 | MTC-00010075
Hart, Jon | 0001 | MTC-00018696
Hart, Lin | 0002 | MTC-00000954
Hartaeady, Jim | 0001 | MTC-00032083
Harten, Arthur F. | 0001 | MTC-00029701
Hartenian, Erik | 0001 | MTC-00018617
Hartgers, Sid | 0001 | MTC-00023378
Hartley, Chad | 0001 | MTC-00001735
Hartley, Jason | 0002 | MTC-00005033
Hartman, Ray | 0001 | MTC-00000405
Hartmann, George J. | 0001 | MTC-00011329
Hartneady, Jim | 0001 | MTC-00001205
Hartogensis, George | 0001 | MTC-00021501
Harton, Zane | 0001 | MTC-00024402
Hartshorn | 0001 | MTC-00016944
Hartzler, James | 0001 | MTC-00016721
Harvey, James | 0002 | MTC-00030849
Harvey, Mary T. | 0001 | MTC-00026554
Hasan, David A. | 0001 | MTC-00032101
Haskell, John | 0001 | MTC-00030824
Haslam, Neal | 0001 | MTC-00023610
Hass, Jeffrey | 0001 | MTC-00002876
Hasse, Michael | 0001 | MTC-00016748
Hasselman, Terri | 0001 | MTC-00029646
Hasselman, Terri | 0001 | MTC-00031882
Hassler, Jeff | 0001 | MTC-00000336
Hatler, Brant | 0001 | MTC-00030946
Hatley, William | 0001 | MTC-00030190
Hattessl20@ aol.com | 0001 | MTC-00009728
Hatton, Rob | 0001 | MTC-00021128
Haubrich, Paul | 0001 | MTC-00030911
Hauck, Wally | 0001 | MTC-00030936
Hauckes, Bill and Ann | 0001 | MTC-00010086
Haug, Dagny | 0001 | MTC-00016481
Haug, Dagny | 0001 | MTC-00033831
Haug, Jack | 0001 | MTC-00006175
Hauser, Rod | 0001 | MTC-00024579
Hawke, Anthony | 0001 | MTC-00020017
Hawkins, Forrest | 0001 | MTC-00005377
Hawkins, Richard | 0001 | MTC-00017090
Hawkins, Stephen | 0001 | MTC-00002983
Hawks, Brad | 0001 | MTC-00001509
Haworth, Howard | 0001 | MTC-00006337
Hawthorne, Candace | 0002 | MTC-00007647
Hayama, Akito | 0001 | MTC-00022748
Hayama, Akito | 0001 | MTC-00022751
Hayashi, Funitoka | 0001 | MTC-00015542
Hayashi, Takaaki | 0001 | MTC-00031205
Hayes, David | 0001 | MTC-00031853
Hayes, Ed | 0001 | MTC-00001324
Hayes, Johnny L. | 0001 | MTC-00026522
Hayes, Mark | 0001 | MTC-00001358
Haynes, Raymond | 0001 | MTC-00031238
Hays, Bobby | 0001 | MTC-00020667
Hays, Eric | 0001 | MTC-00016147
healvin@ ieee.org | 0001 | MTC-00014671
Heater, Kevin | 0001 | MTC-00019166
Heath, Sam | 0001 | MTC-00032529
Hebert, Jim | 0001 | MTC-00018245
Hechtman, Martin | 0001 | MTC-00022023
Heckman, Stan | 0001 | MTC-00018643
Hedbor, Laes | 0001 | MTC-00020188
Hedgpeth, Wendy | 0001 | MTC-00001196
Heebner, Merv | 0001 | MTC-00025345
Heenan, Robert | 0001 | MTC-00006108
Heflan, Fred | 0001 | MTC-00029198
Hegarty, William | 0001 | MTC-00020797
Heidar, Helgi | 0001 | MTC-00026524
Heilers, Charles R. | 0001 | MTC-00010699
Heimer, Alex | 0001 | MTC-00029803
Hein, Craig | 0001 | MTC-00026108
Heinrichs, Nathaniel | 0001 | MTC-00023845
Heintz, John D. | 0001 | MTC-00022412
Heister, Christopher | 0001 | MTC-00023356
Heitefuss, James | 0001 | MTC-00021186
Hellar, Chuck | 0001 | MTC-00033583
Heller, George | 0001 | MTC-00024639
Helmke, George | 0001 | MTC-00020090
Hencke, Robert | 0001 | MTC-00020244
Hendershot, Rob C. | 0001 | MTC-00026963
Henderson, Debbie | 0001 | MTC-00014180
Henderson, Dee Ann | 0001 | MTC-00031011
Henderson, Dennis | 0002 | MTC-00011377
Henderson, Steve | 0001 | MTC-00000174
Hendricks, Ann | 0001 | MTC-00001477
Hendricks, Dawn | 0001 | MTC-00020399
Hendricks, Mark D. | 0002 | MTC-00002880
Hendrickson, Eric | 0001 | MTC-00019883
Hengen, Vicki | 0001 | MTC-00031815
Henrichsen, Gail | 0001 | MTC-00022628
Henriquez, Frank | 0001 | MTC-00018289
Henry, David S. | 0001 | MTC-00021505
Henry, Michael | 0001 | MTC-00020364
Henry, Shirley | 0001 | MTC-00030273
Hensel, J. C. | 0001 | MTC-00030578
Hensley, Rudolph | 0001 | MTC-00009399
Hensley, Rudolph | 0001 | MTC-00013118
Hentges, Chris | 0001 | MTC-00029718
Hepps, S. A. | 0001 | MTC-00008530
Herfindahl, Larry | 0001 | MTC-00001540
Hering, Bob | 0001 | MTC-00026462
Herlevic, Toney | 0001 | MTC-00006170
Herman, Ed | 0001 | MTC-00021241
Herman, Jon | 0001 | MTC-00015844
Hermann, James | 0001 | MTC-00000531
Hermary, Terry | 0001 | MTC-00000947
Hermetz, Andrew | 0001 | MTC-00023563
Hermiz, Teresa | 0001 | MTC-00017567
Herndon, Bill and Dorothy | 0001 | MTC-00027245
Herndon, David | 0001 | MTC-00002744
Herr, Dana M. | 0001 | MTC-00013720
Herrell, Richard | 0001 | MTC-00019788
Herring, Harvey | 0001 | MTC-00030942
Herron, Sharon | 0001 | MTC-00010088
Hesse, Lyon | 0001 | MTC-00007268
Hester, J. David | 0001 | MTC-00013695
Hester, Randy | 0001 | MTC-00000769
Hethcoat, Charles | 0002 | MTC-00024483
Hetherington, Richard | 0001 | MTC-00006166
Hetrick, Donald | 0001 | MTC-00032360
Heuerman, John | 0002 | MTC-00009759
Hibdan, Terry | 0001 | MTC-00024407
Hickman, John | 0001 | MTC-00011919
Hicks, Robert | 0001 | MTC-00006187
Hicks, Robert | 0001 | MTC-00002448
Higgs, Glenda | 0001 | MTC-00012615
Higgs, Glenda | 0001 | MTC-00005333
Hightower, John | 0001 | MTC-00000554
Hightower, Lester | 0002 | MTC-00003385
Hilchie, Larry | 0001 | MTC-00030191
Hildreth, Ramon X. | 0001 | MTC-00018558
Hill, Darlene | 0001 | MTC-00027081
Hill, Dave C. | 0001 | MTC-00002200
Hill, Gary | 0001 | MTC-00029880
Hill, Jack | 0001 | MTC-00006606
Hill, Jay | 0001 | MTC-00000214
Hill, Johnathan | 0001 | MTC-00010742
Hill, Steven | 0001 | MTC-00000224
Hilley, Jimmy | 0001 | MTC-00000045
Hilliard, Justin | 0001 | MTC-00023543
Hilt, John | 0001 | MTC-00023047
Hilton, Phil | 0001 | MTC-00015922
Himes, Glenn | 0001 | MTC-00000497
Himes, Joshua | 0001 | MTC-00027088
Himes, Rees | 0001 | MTC-00008401
Himmerick, Kyle | 0001 | MTC-00018645
Hinds, James | 0001 | MTC-00000943
Hinds, Mark | 0001 | MTC-00033543
Hine, Kevin | 0001 | MTC-00020374
Hines, Ben | 0001 | MTC-00016695
Hines, E. | 0001 | MTC-00019676
Hinson, Johnie | 0001 | MTC-00025889
Hiramoto, Karl | 0001 | MTC-00000523
Hitchcock, Adam | 0001 | MTC-00022734
Hitchcock, Mike | 0001 | MTC-00020400
Hitchinson, W.R. | 0001 | MTC-00011659
Hith, Evelyn | 0002 | MTC-00031826
Hix, Keith | 0001 | MTC-00009603
Hixon, Ray | 0001 | MTC-00003410
hjelte99@ msn.com | 0001 | MTC-00011422
Hobbs, Jason | 0001 | MTC-00001626
Hobin, Frank | 0001 | MTC-00021577
Hobson, Terrance | 0001 | MTC-00021604
Hockin, Tim | 0001 | MTC-00000441
Hockmon, Samuel | 0001 | MTC-00030914
Hodapp, Kevin | 0002 | MTC-00000663
Hodgson, Peter | 0001 | MTC-00012039
Hodgson, Robert | 0001 | MTC-00004863
Hodgson, Robert K. | 0001 | MTC-00002246
Hoerner, Andrew | 0001 | MTC-00027152
Hoff, Regina | 0001 | MTC-00020392
Hoffman, Helen | 0001 | MTC-00009683
Hoffman, Matt | 0001 | MTC-00006142
Hofmann, Mark | 0001 | MTC-00027692
Hogberg, Arthur F. | 0001 | MTC-00001189
Hohm, John | 0001 | MTC-00018711
Hohn, Charles | 0001 | MTC-00027681
hohohams@ hotmail.com | 0001 | MTC-00021410
Hohu, Charles | 0001 | MTC-00027701
Hojnicki, Leo | 0001 | MTC-00011796
Hokel, Thomas | 0002 | MTC-00014286
holdandassoc@ ix.netcan.com | 0001 | MTC-00014558
Holden, Mr. and Mrs. Robert S | 0001 | MTC-00025277
Holden, Pefer | 0001 | MTC-00031072
holgate@ montana.com | 0001 | MTC-00028242
Holkan, Bob | 0001 | MTC-00001921
Holland, Keith | 0001 | MTC-00018751
Holland, Chris | 0001 | MTC-00022151
Holland, J. | 0001 | MTC-00000834
Holland, Pete | 0001 | MTC-00014594
Holland, Peter | 0001 | MTC-00011298
Hollenbeck, Dick | 0001 | MTC-00000796
Hollender, Trina | 0001 | MTC-00009411
Hollings, Deborah | 0001 | MTC-00026927
Hollings, Jessica | 0001 | MTC-00029306
Holm, Audrey | 0001 | MTC-00027304
Holman, Kermit | 0001 | MTC-00028002
Holmes, Joseph | 0001 | MTC-00002251
Holmes, Loren T. | 0001 | MTC-00010453
Holmes, Thomas | 0001 | MTC-00033856
Holsinger, Terri | 0001 | MTC-00027303
Holstein, John | 0001 | MTC-00023813
Holston, Marcia | 0001 | MTC-00023505
Holt, Chris | 0001 | MTC-00025044
Holtje, Christian | 0001 | MTC-00015809
Homan, Matt | 0001 | MTC-00015386
Honein, Antoine | 0001 | MTC-00031576
Honeycutt, gary | 0001 | MTC-00015363
Hoo, Elaine | 0001 | MTC-00027343
Hood, Ken | 0001 | MTC-00001053
Hood, Tim | 0001 | MTC-00023489
Hooper, Clay | 0001 | MTC-00006167
Hoover, Richard S. | 0001 | MTC-00007356
Hopper@ Megalink | 0001 | MTC-00002273
Hora, Manohar | 0001 | MTC-00027655
Horan, Richard F. | 0001 | MTC-00008435
Horiuchi, Yozo | 0001 | MTC-00026800
Horlacher, Richard | 0001 | MTC-00006496
Horlauder, Stephen | 0001 | MTC-00027349
Horn, Dickie | 0001 | MTC-00009561
Horner, Dinah | 0001 | MTC-00025091
Horner, Robert | 0001 | MTC-00025850
Horner, Wesley | 0001 | MTC-00001193
Horning, Paul | 0001 | MTC-00001300
Horowitz, Steven | 0001 | MTC-00030299
Horsman, Richard | 0001 | MTC-00024117
Horstman, Dorothy | 0001 | MTC-00026121
Horstmeier, Robert | 0001 | MTC-00009667
Horton, C.G. | 0001 | MTC-00027200
Horton, Kenneth J. | 0001 | MTC-00015155
Horvath, Bob | 0001 | MTC-00023836
Hoskin, Dan | 0001 | MTC-00001617
Hoskins, William | 0001 | MTC-00029436
Hoster, Chester | 0001 | MTC-00015706
Hostetler, Rhonda | 0001 | MTC-00005822
Hotmale | 0001 | MTC-00015143
Hought, Mike | 0002 | MTC-00000062
Houghten, Elmer | 0001 | MTC-00006098
Houghton, Charles | 0001 | MTC-00001488
Houhanesian, Nancy | 0001 | MTC-00026232
Houlihan, Kelly P. | 0001 | MTC-00005586
Houp, Charles | 0001 | MTC-00002989
House, Michael | 0001 | MTC-00022338
Householder, Walter | 0002 | MTC-00029823
Housel, Bryan | 0001 | MTC-00017460
housepi@ aol.com | 0001 | MTC-00014677
Houston, Dale | 0001 | MTC-00015357
Houston, Jesse | 0001 | MTC-00007974
Houtzer, Alan B. | 0001 | MTC-00001144
Hovis, Jack | 0001 | MTC-00000997
Howard, Daniel | 0001 | MTC-00015806
Howard, James H. | 0001 | MTC-00002153
Howard, R.W. | 0002 | MTC-00013361
Howe, David | 0001 | MTC-00001076
Howells, Pete | 0001 | MTC-00020360
Howland, Dave | 0001 | MTC-00005423
Howland, Eric | 0001 | MTC-00020156
Howland, Geoff | 0001 | MTC-00020043
Hromadka, Tony | 0001 | MTC-00024457
Hruska, Chris | 0001 | MTC-00025913
Hseih, Chhg | 0001 | MTC-00031235
Huang, Hans | 0001 | MTC-00025779
Huard, Dennis | 0001 | MTC-00029195
Hubbard, Bart | 0001 | MTC-00015700
Hubbard, Nathan | 0001 | MTC-00019353
Hubert, Paul | 0001 | MTC-00026235
Hubner, Bill | 0001 | MTC-00003833
Huckaby, Mary | 0001 | MTC-00029245
Hucke, Malt | 0001 | MTC-00015393
Hudock, Anna | 0001 | MTC-00030947
Hudson, Carole | 0001 | MTC-00007069
Hudson, Jonathan | 0001 | MTC-00001354
Hudson, Ralph | 0001 | MTC-00021449
Huey, Kathleen | 0001 | MTC-00031278
Huff, Cameron | 0001 | MTC-00000995
Hughes, Emily | 0001 | MTC-00028472
Hughes, John | 0001 | MTC-00009314
Hughes, Marc | 0001 | MTC-00016826
Hughes, Tom | 0001 | MTC-00020461
hui.wu | 0001 | MTC-00025176
Hulbert, Virginia and William | 0001 | MTC-00013538
Humke, Bill | 0001 | MTC-00028807
Hummel, Jason | 0001 | MTC-00024522
Hummell, Steven | 0001 | MTC-00001054
Humphrey, Thomas | 0001 | MTC-00018424
Humphries, Dan | 0001 | MTC-00003492
Hunt, John | 0001 | MTC-00028524
Hunt, John | 0001 | MTC-00031852
Hunter L. | 0001 | MTC-00010969
Hunter, Christopher | 0001 | MTC-00015205
Hupp, Arthur | 0001 | MTC-00009713
Hurd, Jim | 0001 | MTC-00015179
Hurley, Sean | 0001 | MTC-00000586
Hurst, James R. | 0001 | MTC-00005645
Hurst, Jim | 0001 | MTC-00011488
Hurta, Donald | 0001 | MTC-00025497
Hutchinson | 0001 | MTC-00005751
Hutchinson, Michael J. | 0001 | MTC-00009068
Hutchinson, Mickael J. | 0001 | MTC-00013616
Hutchinson, Rose | 0001 | MTC-00009328
Hutchison, Lon | 0001 | MTC-00001291
Huth, Cornel | 0001 | MTC-00019482
Hyan496de@ aol.com | 0001 | MTC-00012600
Hyler, Buck | 0001 | MTC-00005581
Hymes, William | 0001 | MTC-00030913
Hynds, Patrick | 0001 | MTC-00020754
I Am The Only Glare | 0001 | MTC-00000024
Idem, Charlie E. | 0001 | MTC-00020355
Ike | 0001 | MTC-00005830
Ike, Joe | 0001 | MTC-00029844
Ike, Larry | 0001 | MTC-00029828
imzadi32@ hotmail.com | 0001 | MTC-00014664
Incantalupo, Louis | 0001 | MTC-00007183
inetnow@ hotmail.com | 0001 | MTC-00025479
info@ transndigital.com | 0001 | MTC-00011412
Ingram, Michelle | 0001 | MTC-00023737
Ingstrand, Jacob | 0001 | MTC-00001427
Ingulsrud, Joel | 0001 | MTC-00000074
Innis, Eric | 0003 | MTC-00027176
innthymetwcny.rr.com | 0001 | MTC-00028231
intcon@ harbornet.com | 0001 | MTC-00010395
Irish, Dudley | 0001 | MTC-00022504
Irle, Mark | 0002 | MTC-00022635
Irons, Nathaniel | 0001 | MTC-00002261
Irvine, Robert | 0001 | MTC-00007172
Irving, Jim | 0001 | MTC-00002803
Irwin, Eric | 0001 | MTC-00022174
Isaacs, Fred | 0001 | MTC-00018540
Ischilda, Casey | 0001 | MTC-00001510
Isenberg, David | 0001 | MTC-00020666
Isharvi@ attglobal.net | 0001 | MTC-00014344
isiinv@ charter.net | 0001 | MTC-00014509
Islam, Faisal | 0001 | MTC-00002010
itremblay@ msn.com | 0001 | MTC-00028098
Ivanov, Ivan | 0001 | MTC-00009722
Iveathers, Doug | 0001 | MTC-00016740
Ivers, Eric | 0001 | MTC-00032823
Iverson, Richard | 0002 | MTC-00010634
Iverson, Stewart | 0001 | MTC-00030254
Ivie, Pat | 0001 | MTC-00025566
ivoryf@ cut.net | 0002 | MTC-00028055
Jablinske, Anne E. | 0001 | MTC-00004153
jaccort@ mercury.uwe.ac.uk | 0001 | MTC-00020623
Jack | 0001 | MTC-00000578
Jack K. | 0001 | MTC-00014507
Jack, Gretchen | 0001 | MTC-00031612
Jack, Jack | 0001 | MTC-00025623
Jack3108 | 0001 | MTC-00005220
jack@ muhlenkamp.com | 0001 | MTC-00011446
Jackson, Chris | 0001 | MTC-00021179
Jackson, David S. | 0001 | MTC-00021504
Jackson, Linda | 0001 | MTC-00005500
Jackson, Mark | 0001 | MTC-00016392
Jackson, Roscoe | 0001 | MTC-00023666
Jackson, Walt | 0001 | MTC-00025664
Jacob, Mark | 0001 | MTC-00016954
Jacobs, Jeanne | 0001 | MTC-00006343
Jacobs, Jeanne | 0001 | MTC-00026238
Jacobs, Shannon | 0001 | MTC-00001355
Jaehrling, Michael | 0001 | MTC-00027086
Jaffe, Charles | 0001 | MTC-00005531
Jalot, Tresa | 0001 | MTC-00029843
James | 0001 | MTC-00020006
James, Carolyn and Richard | 0001 | MTC-00027160
James, Laurel | 0002 | MTC-00028215
James, Vladimir | 0001 | MTC-00002135
JamesWhatley@ msn.com | 0001 | MTC-00026816
jana30@ ameritech.net | 0001 | MTC-00028595
Jane, Edmond | 0001 | MTC-00019777
Janne, Dave | 0001 | MTC-00028551
Jansen | 0001 | MTC-00023808
Jantz, Barry | 0001 | MTC-00031615
jarden, Michael | 0001 | MTC-00001372
Jarzynski, Darek | 0001 | MTC-00032387
jasjmtch@ ix.netcom.com | 0001 | MTC-00014672
Jasper, J | 0001 | MTC-00027820
Jasper, Paul | 0002 | MTC-00005424
Javi, Trent | 0001 | MTC-00014953
Jay, Jeff | 0001 | MTC-00001281
jay@ comter.com | 0001 | MTC-00008018
Jaynes, Richard K. | 0001 | MTC-00025146
jayreitz@ hotmail.com | 0001 | MTC-00025100
JB | 0002 | MTC-00019103
JbannRetdc@ aol.com | 0001 | MTC-00014686
jbareuther@ aol.com | 0001 | MTC-00008949
jblack000@ yahoo.com | 0001 | MTC-00021347
jbrcher@ kurvesystems.com | 0001 | MTC-00014371
JCDMort@ aol.com | 0001 | MTC-00007653
jcelic2@ home.com | 0001 | MTC-00016045
JCockman12@ aol.com | 0001 | MTC-00007943
jdhuling@ aol.com | 0001 | MTC-00001123
JDR | 0001 | MTC-00011295
JeannetteWilson@ aol.com | 0001 | MTC-00008240
jeebus | 0004 | MTC-00017057
jeel@ aol.com | 0001 | MTC-00028463
Jeffries, Bruce | 0001 | MTC-00015204
Jeffries, Jason | 0001 | MTC-00000832
Jelinski, Ben | 0001 | MTC-00033273
Jellinek, Abe | 0001 | MTC-00001723
Jennings, Becky | 0001 | MTC-00012570
Jensen, Bob | 0001 | MTC-00004881
Jensen, Brian | 0001 | MTC-00000050
Jensen, Jon | 0001 | MTC-00007276
Jensen, Neil | 0001 | MTC-00001384
Jensen, Ronnie | 0001 | MTC-00001114
Jensen, Virginia | 0001 | MTC-00009993
Jeppeser, Henning D. | 0001 | MTC-00027994
Jere Beauchamp | 0001 | MTC-00019737
Jergensen, Eric | 0001 | MTC-00017576
Jergensen, Girard | 0001 | MTC-00018721
Jerry | 0001 | MTC-00026740
Jerrydeannaphx@ aol.com | 0001 | MTC-00005434
Jesper | 0001 | MTC-00021715
Jesse Montrose | 0001 | MTC-00019727
Jessen, David | 0001 | MTC-00026774
Jesuve, Jens Eike | 0001 | MTC-00023956
Jevach, James E. | 0001 | MTC-00024992
Jezmo | 0001 | MTC-00004851
JFerrantin@ aol.com | 0001 | MTC-00007292
jffati@ prodigy.net | 0001 | MTC-00021438
jgolden28@ msn.com | 0001 | MTC-00010429
jhoward964@ aol.com | 0001 | MTC-00028190
jhowasso@ swbell.net | 0001 | MTC-00014583
Jim | 0001 | MTC-00002015
Jim | 0001 | MTC-00019813
jimbrown3@ aol.com | 0001 | MTC-00014590
jimeian, Fred | 0001 | MTC-00025076
Jiu, Brett | 0001 | MTC-00006165
jkwassociates@ aol.com | 0001 | MTC-00010374
JLam19073@ cs.com | 0001 | MTC-00001740
jleftelaar@ guate.net | 0001 | MTC-00010399
jmf66@ juno.com | 0001 | MTC-00027198
joanandjohn@ webtv.net | 0001 | MTC-00014334
joanpeterson | 0001 | MTC-00022231
Jodene, Jerry | 0001 | MTC-00009571
joec504@ earthlink.net | 0001 | MTC-00028606
joecr | 0001 | MTC-00021394
joecynthia@ yahoo.com | 0001 | MTC-00014598
Joejensen@ aol.com | 0001 | MTC-00023635
Joer099@ aol.com | 0001 | MTC-00014499
Joerg, David | 0002 | MTC-00026220
John Hussey, AKA jhussey@ pcc.net | 0001 | MTC-00020398
John John, AKA jhussey@ pcc.net | 0001 | MTC-00020391
John.Murray@ cantire.com | 0001 | MTC-00015367
Johnasson, Tobias | 0001 | MTC-00015062
johnpaul@ pikenet.net | 0001 | MTC-00014685
Johnson, Alfred E. | 0001 | MTC-00010668
Johnson, Ammon | 0001 | MTC-00026192
Johnson, Blanche | 0001 | MTC-00025407
Johnson, Bobby | 0001 | MTC-00005464
Johnson, Brent | 0001 | MTC-00021344
Johnson, Brian E. | 0001 | MTC-00018420
Johnson, Charles | 0001 | MTC-00020359
Johnson, Chris | 0001 | MTC-00000538
Johnson, Criag | 0001 | MTC-00000910
Johnson, Donald | 0001 | MTC-00009962
Johnson, Donna M. | 0001 | MTC-00006898
Johnson, Gary | 0001 | MTC-00008016
Johnson, Jadrian | 0001 | MTC-00015516
Johnson, Janice | 0001 | MTC-00029343
Johnson, Larry | 0001 | MTC-00003150
Johnson, Linda | 0002 | MTC-00008284
Johnson, M. Brian | 0002 | MTC-00021042
Johnson, Melvin | 0001 | MTC-00006600
Johnson, Melvin D. | 0001 | MTC-00000996
Johnson, Monty | 0001 | MTC-00007475
Johnson, philip | 0001 | MTC-00001268
Johnson, R. C. | 0001 | MTC-00019791
Johnson, R. Fulton | 0001 | MTC-00023626
Johnson, William | 0001 | MTC-00030555
Johnson-Evers, Steve | 0001 | MTC-00020958
Johnsonston, Thomas | 0002 | MTC-00030162
Johnston, Ann | 0001 | MTC-00030915
Johnston, Earl | 0002 | MTC-00006248
Johnston, Howard | 0001 | MTC-00002130
Johnston, P. | 0001 | MTC-00005176
Joline, Everett | 0001 | MTC-00030568
Jonas, Doug and Jan | 0001 | MTC-00008964
Jones, Allan | 0001 | MTC-00018379
Jones, Arthur | 0001 | MTC-00005764
Jones, Ashley | 0001 | MTC-00018168
Jones, Ben | 0001 | MTC-00030512
Jones, David | 0001 | MTC-00025352
Jones, Dexter | 0001 | MTC-00020786
Jones, Elizabeth | 0001 | MTC-00020750
Jones, Fenton | 0001 | MTC-00001055
Jones, Florence | 0001 | MTC-00024617
Jones, John | 0001 | MTC-00000751
Jones, John | 0001 | MTC-00005314
Jones, Justin | 0001 | MTC-00026181
Jones, Mark | 0001 | MTC-00031618
Jones, Matthew | 0001 | MTC-00024484
Jones, Michael | 0001 | MTC-00005428
Jones, Michael Issac | 0001 | MTC-00019519
Jones, Michael P. | 0001 | MTC-00016525
Jones, Warren | 0001 | MTC-00019452
Jones, Wilson | 0001 | MTC-00020704
Jordan, Bret | 0001 | MTC-00017084
Jordan, Christina | 0001 | MTC-00028670
Jordan, J.T. | 0001 | MTC-00026776
Jordan, Thomas L. | 0001 | MTC-00014625
Jorgensen, John | 0002 | MTC-00027182
Jorgensen, Patricia | 0002 | MTC-00027177
Joseph Hussey, aka josephhussey@ pcc.net | 0001 | MTC-00020394
Joseph, Martin | 0002 | MTC-00026240
Josephs, Mark | 0001 | MTC-00000798
josephsi@ hotmail.com | 0001 | MTC-00019540
JoShade@ aol.com | 0001 | MTC-00013376
Joshi, Alok | 0001 | MTC-00021648
Joshua 2000ad | 0001 | MTC-00000510
Joshua Smith | 0001 | MTC-00019722
joshvern@ juno.com | 0001 | MTC-00025822
Joyner, Ian | 0001 | MTC-00001118
Jpf251@ aol.com | 0001 | MTC-00006117
jpi1975@ aol.com | 0001 | MTC-00014596
jprandisi@ cs.com | 0001 | MTC-00016009
Jr | 0001 | MTC-00002704
JR | 0002 | MTC-00015299
JR | 0001 | MTC-00015306
Jrloans@ aol.com | 0001 | MTC-00005415
JRob98@ aol.com | 0001 | MTC-00032365
jrooste@ yahoo.com | 0001 | MTC-00014582
jseby@ att.tech.com | 0001 | MTC-00015209
jtgilbert@ aol.com | 0001 | MTC-00015987
jtsheldon@ pcis.net | 0001 | MTC-00021423
Judibird1@ aol.com | 0001 | MTC-00008662
Judson | 0002 | MTC-00032122
Julian, John | 0001 | MTC-00018392
Jullien, Marc | 0001 | MTC-00005359
Jungalwala, Jay | 0001 | MTC-00017455
Jungermann, George | 0001 | MTC-00026861
Junkioski, Michael | 0002 | MTC-00024080
Jurik, Jon | 0001 | MTC-00021039
Just AnalHQ | 0001 | MTC-00002178
Just, Cameron | 0001 | MTC-00019753
justfnsit@ aol.com | 0001 | MTC-00012742
Justin | 0001 | MTC-00025519
jvedevine@ bgf.com | 0001 | MTC-00014503
jwarth@ stonesav.com | 0001 | MTC-00014673
jwbl3@ juno.com | 0001 | MTC-00026650
jwbowman@ msn.com | 0001 | MTC-00024292
K, Steve | 0001 | MTC-00019684
K.O. | 0001 | MTC-00016931
Kaas, Leo | 0001 | MTC-00021007
Kachline, Harry M. | 0002 | MTC-00001919
Kaczor, Chris | 0001 | MTC-00014972
Kahlbaum, Dennis | 0001 | MTC-00025092
Kai, Jon | 0001 | MTC-00026359
Kaiser, John | 0001 | MTC-00019271
Kakridas, Dean | 0001 | MTC-00018607
Kakugawa, Kelvin Katsume Kang | 0001 | MTC-00015401
Kalisvaart, Adri | 0002 | MTC-00027651
Kallin, M. | 0001 | MTC-00002092
Kallsen, Marvin | 0001 | MTC-00005483
Kaltenbach, Susan | 0002 | MTC-00028578
Kane, Michael | 0001 | MTC-00024602
Kannan, Arvind | 0001 | MTC-00019758
Kapikian, Carl | 0001 | MTC-00021209
Kaplan, Ian | 0001 | MTC-00019045
Kaplinath | 0001 | MTC-00001755
Karaffa, Linda | 0001 | MTC-00018769
Karafilis, Milton | 0001 | MTC-00005235
Karafilis, Milton | 0001 | MTC-00025581
Karamded, Suman | 0001 | MTC-00015526
Karasu, Simon | 0001 | MTC-00000786
Karlhier, Armin | 0001 | MTC-00001486
Karnecki, Dave | 0001 | MTC-00025673
Karpinski, James | 0001 | MTC-00024108
Karuna, Karan | 0001 | MTC-00005400
Karve, Aneesh | 0001 | MTC-00022288
Kasden, Lowell | 0001 | MTC-00007028
Kaspzak, Donald | 0001 | MTC-00001493
Kassner, Bob | 0001 | MTC-00005548
Kathleen | 0001 | MTC-00019993
Katt, Norma | 0001 | MTC-00011385
Kattner | 0001 | MTC-00029370
Katz, Sam | 0001 | MTC-00000971
Katz, Sheldon | 0001 | MTC-00008032
Kaufman, Jim | 0001 | MTC-00016700
Kavounas, Larry | 0001 | MTC-00014321
Kay, Allen | 0001 | MTC-00029446
Kay, Jim | 0001 | MTC-00026194
Kay, Morris | 0001 | MTC-00025589
Kazmierski, Jeffrey J. | 0001 | MTC-00001950
KEane, Louise | 0003 | MTC-00021905
Kedzierski, Arthur | 0001 | MTC-00016681
Kedzierski, Diana | 0001 | MTC-00017562
Keefe, Ann | 0001 | MTC-00007986
Keefe, Ann and Tom | 0001 | MTC-00023604
Keefe, Tom | 0001 | MTC-00001239
Keen, Stephen | 0001 | MTC-00020990
Keen, Stephen | 0001 | MTC-00021004
Keever, Darin | 0001 | MTC-00017979
Kehl, Jeff | 0001 | MTC-00005955
Keil, Carl | 0001 | MTC-00028218
Keilig, Brian | 0001 | MTC-00018290
Keilson, Jack | 0001 | MTC-00006860
Keith, Joshua | 0001 | MTC-00023689
Keller, Christine | 0001 | MTC-00009613
Keller, Ron | 0001 | MTC-00025806
Kelly, James | 0001 | MTC-00022423
Kelly, P. | 0001 | MTC-00002438
Kelly, Thomas | 0001 | MTC-00032062
Kelsey, Matt | 0001 | MTC-00022319
Kemler, Stephen | 0001 | MTC-00018398
Kemp, Keith | 0001 | MTC-00028826
Kempfe, Knorad M. | 0001 | MTC-00000599
ken@ abullseye.com | 0001 | MTC-00014592
Kendig, James | 0001 | MTC-00021686
Kenfield, Jim | 0001 | MTC-00029450
Kennedy, Erik | 0001 | MTC-00028885
Kennedy, George | 0002 | MTC-00031884
Kennedy, Louise | 0001 | MTC-00010071
Kennedy, Matthew | 0001 | MTC-00003694
Kennedy, William | 0001 | MTC-00001904
Kennedy< john | 0001 | MTC-00027686
Kenney, Brad | 0001 | MTC-00031629
Kent, Patrick T. | 0001 | MTC-00001313
kent68@ aol.com | 0001 | MTC-00014506
Kentrup, Barry | 0001 | MTC-00006748
Keplar, Tom | 0001 | MTC-00009690
Keramidas, Gary | 0001 | MTC-00019982
Kerbyson< Gerry | 0001 | MTC-00026203
Kern County Hispanic Chamber of Commerce | 0001 | MTC-00031181
Kern, Gregory | 0001 | MTC-00005511
Kernayama, Ken | 0001 | MTC-00020045
Kert, J.D.G | 0001 | MTC-00013824
Key, Young Jun | 0001 | MTC-00027339
KFred87529@ aol.com | 0001 | MTC-00028910
Khattab, A.K. | 0001 | MTC-00025513
Khavkine, Igor | 0001 | MTC-00015102
Khoruak, Lucille | 0001 | MTC-00023581
Kiang, Jonathan | 0001 | MTC-00027334
Kidd, David | 0001 | MTC-00025351
Kielpinski, Gerald | 0001 | MTC-00002290
Kiesling, Donald | 0001 | MTC-00031287
Kight, Albert | 0002 | MTC-00030664
Kihsella, Mary | 0001 | MTC-00031213
Kilgore, Terry G. | 0002 | MTC-00031843
Kilgore, William | 0001 | MTC-00016651
Killmeyer, Ted | 0001 | MTC-00019800
Kilmarten, James | 0001 | MTC-00027306
Kilshaw, Hal | 0001 | MTC-00031889
Kim, Xang | 0001 | MTC-00028481
Kimura, James | 0001 | MTC-00021600
Kincheloe, Teri | 0001 | MTC-00020657
King, Bill | 0001 | MTC-00002112
King, Bryant A. | 0001 | MTC-00005223
King, Dean | 0001 | MTC-00005643
King, George | 0001 | MTC-00003503
King, George | 0001 | MTC-00030256
King, Howard | 0001 | MTC-00000976
King, Michael | 0001 | MTC-00016359
King, Michael | 0001 | MTC-00014187
King, Rich | 0001 | MTC-00009876
King, Thomas | 0001 | MTC-00004875
Kinser, Jeremy | 0001 | MTC-00018664
Kiriten, Mike | 0001 | MTC-00028497
Kirkland, Douglas | 0001 | MTC-00016590
Kirton, Paul | 0001 | MTC-00008940
Kitchen, Michael | 0002 | MTC-00009816
Kitchenman, Joseph | 0001 | MTC-00025084
Kitchin, Anthony James | 0001 | MTC-00018626
Kittle, Paul | 0001 | MTC-00020620
Kitts, D. Frank | 0002 | MTC-00027656
Klafter, Alex | 0001 | MTC-00022989
Klan, Eleanor | 0001 | MTC-00033502
Klein, Joe | 0001 | MTC-00015017
Klein, Roderick | 0001 | MTC-00002034
Kleindorfen, Dennis | 0001 | MTC-00032588
Kleinknecht, Sarah | 0001 | MTC-00026790
Kleyin, Edward | 0001 | MTC-00015587
Kline, J. Peter | 0001 | MTC-00009169
Kline, Robert | 0001 | MTC-00026819
Kliner, Dhav | 0001 | MTC-00001014
Klope, Scan | 0001 | MTC-00009320
Klug, Scott | 0002 | MTC-00031264
kmaljak@ washingtontimes.com | 0001 | MTC-00014580
kmm2000@ webtv.net | 0001 | MTC-00011131
Knab, Theodore | 0001 | MTC-00027212
Knapp, Bob | 0001 | MTC-00021212
Knarabe, Amol | 0001 | MTC-00017024
kneppar@ mediaone.net | 0001 | MTC-00024273
Knepper, Jan | 0002 | MTC-00021161
Knight, Michael | 0001 | MTC-00005216
Knoff, Keith | 0001 | MTC-00020361
Kober, James H. | 0001 | MTC-00005943
Koch, Barb | 0001 | MTC-00033597
Koch, Blaise | 0001 | MTC-00022306
Kocher, Ira | 0001 | MTC-00025827
Kocurek, Helga | 0001 | MTC-00000051
Kocurek, Helga | 0001 | MTC-00000053
Kocurek, Helga | 0001 | MTC-00000344
Kocurek, Helga | 0001 | MTC-00000349
Koedel, Gilbert | 0001 | MTC-00031271
Koelling, I.C. | 0001 | MTC-00024643
Koen, John F. | 0001 | MTC-00001741
Koenig, John | 0001 | MTC-00002106
Koenig, Philip | 0002 | MTC-00024133
Koenig, Richard | 0001 | MTC-00031556
Kofford, Rex and Alene | 0001 | MTC-00026752
Kogut, Vladmir G | 0001 | MTC-00024382
Koh, Bob | 0001 | MTC-00021786
Kohler, Ivan | 0001 | MTC-00021025
Kohler, Richard | 0001 | MTC-00029998
Kojis, Ferd | 0001 | MTC-00030916
Kolev, Bobby | 0002 | MTC-00033174
Kolitz, Mike | 0001 | MTC-00000097
Kolmar, John | 0001 | MTC-00021644
Koln, Nick | 0001 | MTC-00001531
Konopka, John | 0001 | MTC-00001418
KonradKO (FFF)odziejczyk | 0001 | MTC-00023269
Korch, Amine | 0001 | MTC-00016911
Korn, Ann | 0001 | MTC-00026117
Korn, Joyce | 0001 | MTC-00029448
Korniski, Ronald J. | 0001 | MTC-00002194
Kornman, P.T. | 0001 | MTC-00015106
Korolevich, Mark | 0001 | MTC-00005381
Korver, Brian | 0001 | MTC-00025523
Kosky, John | 0001 | MTC-00029847
Koster, H. William | 0001 | MTC-00006505
Kostrava, Jim | 0001 | MTC-00009773
Kovalsky, Julian | 0001 | MTC-00001220
Kown, Richard | 0002 | MTC-00031872
Kowrek, James | 0001 | MTC-00000172
kphillips@ tippertie.com | 0001 | MTC-00014591
Krabill, Keith | 0001 | MTC-00000977
Kraft, Ray | 0002 | MTC-00009770
Kraft, Ray | 0001 | MTC-00032444
Kraig, Don | 0001 | MTC-00001623
Krasnoff, Sanford | 0001 | MTC-00030819
Krause, Don | 0001 | MTC-00019216
Krause, Randall | 0002 | MTC-00025626
Kraut, Michael J. | 0001 | MTC-00012564
Krebs, Tami | 0001 | MTC-00026886
Kreienkamp, Scot | 0001 | MTC-00001112
Kreis, Jeff | 0001 | MTC-00019531
Kricz, Nathan | 0001 | MTC-00000950
Kriedman, Warren | 0001 | MTC-00023975
Krinkal@ aol.com | 0001 | MTC-00008815
Kritikos, Alex | 0001 | MTC-00015321
Kromholz, Seth | 0001 | MTC-00025301
Krothapalli, Crish | 0001 | MTC-00026779
Kruempelstaedter, Kerry | 0001 | MTC-00018385
Krug, James | 0001 | MTC-00033166
Krum, Robert J. | 0001 | MTC-00019658
Kruse, Daniel | 0001 | MTC-00027203
Kshan36633@ aol.com | 0001 | MTC-00007951
Kuban, Scott | 0001 | MTC-00001074
Kuenzi, Andrew | 0002 | MTC-00004736
Kukla, Jim | 0001 | MTC-00027650
Kull, Peter | 0001 | MTC-00021937
Kulp, Al | 0001 | MTC-00005499
Kumarjit, Ray | 0002 | MTC-00009507
Kuncaitis, Michael Sr. | 0001 | MTC-00009718
Kuo, Tim | 0001 | MTC-00021064
Kuryk, Ben | 0001 | MTC-00024722
Kushner, Robert | 0001 | MTC-00019896
Kuska, James J. | 0001 | MTC-00022184
Kuyper, Phil | 0001 | MTC-00006092
Kuzminski, John | 0001 | MTC-00007281
Kuzuaas, Tom | 0001 | MTC-00023582
Kwiatkowski, Mike | 0001 | MTC-00001715
Ky7x | 0001 | MTC-00025172
Kyler, Ken | 0001 | MTC-00000952
Labadie, Nathan | 0001 | MTC-00016003
Labut, Philip | 0001 | MTC-00017647
Lachman, Ben | 0001 | MTC-00023848
Lackie, Richard | 0001 | MTC-00026758
LaCount, Ronald | 0001 | MTC-00030927
Ladd, Charlott | 0001 | MTC-00030931
Laderman, L. | 0001 | MTC-00000822
Lafferty, Doris J. | 0001 | MTC-00011789
LaForest, Mark | 0001 | MTC-00002997
Lageson, Tom | 0001 | MTC-00015379
LaGreca, Genevieve | 0001 | MTC-00023354
LaGrua, Jeffrey | 0001 | MTC-00021601
Lahes, Victor | 0001 | MTC-00027660
Lahti, Christian | 0001 | MTC-00016933
LAhtinen, John | 0001 | MTC-00024150
Lai, Susan | 0001 | MTC-00014525
Lakshmanan, Valliappa | 0001 | MTC-00022325
Lamacchia, Cosmo | 0001 | MTC-00030925
LaMange, Ron | 0001 | MTC-00024866
LaMange, Ron | 0001 | MTC-00030575
Lambdin, Robert E. | 0001 | MTC-00025797
Lambers, Aaron | 0001 | MTC-00017431
LAmbert, Caroline | 0001 | MTC-00024477
Lambert, Karel | 0001 | MTC-00030654
Lambert, Kim | 0002 | MTC-00030810
Lamberti, Jeff | 0003 | MTC-00031877
Lambird, Robert | 0002 | MTC-00005004
lamelling@ earthlink.net | 0001 | MTC-00014587
Lamminm, Markus | 0001 | MTC-00017885
LamModlin@ netscape.net | 0001 | MTC-00014323
Lamonthe, Maurice | 0001 | MTC-00021829
Lamonthe, Todd L. | 0001 | MTC-00021074
Lamoreaux, Patty | 0001 | MTC-00020383
lancaffer@ msn.com | 0001 | MTC-00028243
Lancaster, James | 0001 | MTC-00004974
Lancaster, John | 0001 | MTC-00010512
Lancaster, Spear | 0001 | MTC-00025028
Lancki, Ed | 0001 | MTC-00023782
Land, Edward | 0001 | MTC-00030276
Land, John | 0002 | MTC-00031295
Landers, Cheri | 0001 | MTC-00008357
Landfield | 0001 | MTC-00025046
Landress, Chuck | 0001 | MTC-00017409
Landry, Joel | 0001 | MTC-00004865
Landsiedel, Bryan | 0001 | MTC-00019665
Lane, Miles | 0001 | MTC-00000916
Lane, Tom | 0001 | MTC-00012510
Lane, William | 0001 | MTC-00001437
Lang, Jeff | 0001 | MTC-00015585
Langford, John | 0001 | MTC-00016937
Langfred, John | 0001 | MTC-00000782
Langlois, Richard | 0001 | MTC-00001063
langtanjbl@ cs.com | 0001 | MTC-00014652
Langtry, Nathan Frederick | 0001 | MTC-00020069
Lanhe, Suzanne | 0001 | MTC-00028283
Lanser, Eric | 0002 | MTC-00008387
Lantz, Robert | 0001 | MTC-00006905
Lantz, Robert | 0002 | MTC-00008318
Lantz, Robert | 0002 | MTC-00011469
Laramee, Francois | 0001 | MTC-00002011
Large, Ronald | 0001 | MTC-00004852
Laris, Jeanette R. | 0001 | MTC-00026576
Larmon, Paul | 0001 | MTC-00005829
Larrabee, Jule | 0001 | MTC-00031274
Larrison, Steve | 0001 | MTC-00001106
Larry | 0001 | MTC-00001285
Larry@ Smith-House.org@ inetgw | 0001 | MTC-00017200
larryf@ manatts.com | 0001 | MTC-00014578
Larsen, Larry | 0001 | MTC-00000926
Larson, Chuck | 0001 | MTC-00025069
Larson, Thomas | 0001 | MTC-00027058
LaRusso, Tom | 0001 | MTC-00009669
Lasch, Jim | 0001 | MTC-00009317
lASTNER, fRANK | 0001 | MTC-00029835
Latham, Chris | 0001 | MTC-00022233
Lauder, Rick | 0001 | MTC-00007082
Laughton, Andrew | 0001 | MTC-00014968
Laur, Neal | 0001 | MTC-00020846
Laurenson, John G. | 0001 | MTC-00002409
Laurent-Muehleisen, Sally | 0001 | MTC-00002868
Laurin, Jim | 0001 | MTC-00017410
Lavelle, robert M | 0001 | MTC-00009554
Lavelle, Rose Marie | 0001 | MTC-00032422
LaVercombe, Jesse | 0001 | MTC-00014418
Lawerence, Mark | 0001 | MTC-00027777
Lawler, Marie | 0002 | MTC-00026374
Lawrence, Randy | 0001 | MTC-00018086
Lawson, Adam | 0001 | MTC-00018603
Lawton, David M. | 0002 | MTC-00031643
Lay, Jeffry | 0001 | MTC-00020351
Laydon, Jim | 0002 | MTC-00031268
Lazzara, Jason | 0001 | MTC-00020453
LBastasuki@ aol.com | 0001 | MTC-00007272
lbbaker@ bellsouth.net | 0001 | MTC-00021418
lclevel707@ msn.com | 0001 | MTC-00014674
ldwplw@ hotmail.com | 0001 | MTC-00010456
Le Vitus, Bob | 0002 | MTC-00002253
Lea | 0001 | MTC-00027093
Lea, Patty | 0001 | MTC-00007675
Leach, Jalon R. | 0001 | MTC-00021517
Leader, Scott | 0002 | MTC-00014753
Leake, Bruce | 0001 | MTC-00030901
Leathers, Norman | 0001 | MTC-00007198
Leazure, Chris | 0001 | MTC-00021741
Leblanc, Sylvester | 0001 | MTC-00001296
Lederman, Jeremie | 0001 | MTC-00001746
LeDuc, Charles | 0002 | MTC-00012778
Lee, Chalres | 0001 | MTC-00007494
Lee, Cheryl | 0001 | MTC-00030935
Lee, Chris | 0003 | MTC-00000220
Lee, Chris | 0002 | MTC-00000239
Lee, Chris | 0003 | MTC-00000293
Lee, Chung | 0001 | MTC-00030934
Lee, Kim | 0001 | MTC-00016945
Lee, Robin Elaine | 0001 | MTC-00018613
leederone@ yahoo.com | 0003 | MTC-00025070
Legene, Maarten | 0001 | MTC-00000082
Leggett, Graham | 0001 | MTC-00022085
Legrand, Pierre | 0001 | MTC-00008003
Legrand, Pierre | 0001 | MTC-00008007
Lehane, C. J. | 0001 | MTC-00005544
Lehnart, Charles | 0001 | MTC-00007982
Lehnhard, Geogre | 0001 | MTC-00006612
Lehrer, Nancy | 0001 | MTC-00022156
Leiblier, Denis | 0001 | MTC-00001484
Leibowitz, Michael | 0001 | MTC-00028566
Leidig, David | 0001 | MTC-00026375
leigh—jr2@ hotmail.com | 0001 | MTC-00028078
Leipold, Cosimo | 0001 | MTC-00015459
Leitner, Sarah | 0001 | MTC-00024130
Lemmand, E.B. | 0001 | MTC-00008001
Lemon, Bill | 0002 | MTC-00005177
Lemons, Jason T. | 0001 | MTC-00031616
Lenhart, Clay | 0001 | MTC-00023553
Lenox, Ryan | 0001 | MTC-00021482
Leo, Mike | 0001 | MTC-00018681
Leonard, Clifton | 0001 | MTC-00021502
Leonard, Jud | 0001 | MTC-00020774
Leone, Jeanine | 0001 | MTC-00011438
Leone, Jeanine | 0001 | MTC-00032622
Lerch, Walter | 0001 | MTC-00030569
Leroyjetson7 | 0001 | MTC-00019295
Leslie, Shelton | 0001 | MTC-00020036
Lesperance, Edwin | 0001 | MTC-00023640
Lester, Elizabeth | 0001 | MTC-00022811
Lester, Rodney | 0001 | MTC-00018673
Leu, Tony | 0001 | MTC-00029849
Leung, Yat-Sun | 0001 | MTC-00006183
Levi, Meir | 0002 | MTC-00000078
Levine, Richard | 0001 | MTC-00001759
Levinger, Deborah | 0002 | MTC-00009841
Levinson, Marcia | 0001 | MTC-00030595
Levitsky, Susan | 0003 | MTC-00033473
Levittan, Bob | 0001 | MTC-00005202
Levittan, Bob | 0001 | MTC-00032359
Levy, Lissa | 0001 | MTC-00028575
Levy, Michael | 0002 | MTC-00030926
Lewine, Howard | 0001 | MTC-00033491
Lewis, Bill | 0001 | MTC-00030948
Lewis, Charles | 0001 | MTC-00017295
Lewis, Constance Reynolds | 0007 | MTC-00030508
Lewis, Dave | 0001 | MTC-00022025
Lewis, David R. | 0001 | MTC-00030728
Lewis, Doug | 0001 | MTC-00021331
Lewis, Jackie | 0001 | MTC-00031837
Lewis, James J. | 0001 | MTC-00000212
Lewis, Marshall | 0001 | MTC-00016609
Lewis, Paul | 0001 | MTC-00027662
Lewis, Richard | 0002 | MTC-00007679
Lewis, Robert | 0001 | MTC-00000945
Lewis.jones@ malvern.co.ok@ inetgw | 0001 | MTC-00003819
Lexx | 0001 | MTC-00010974
lgervits@ nye.doe.gov | 0001 | MTC-00021415
LHEINSCH@ aol.com | 0001 | MTC-00022977
lho@ ffi.no | 0001 | MTC-00020381
lhuff@ prodigy.net | 0001 | MTC-00014595
Liam | 0001 | MTC-00023612
Liang, Weigen | 0001 | MTC-00001006
Liang, Z. G. | 0001 | MTC-00007182
Liebe, Gary | 0001 | MTC-00025663
Liebeiman, Bruce | 0001 | MTC-00001315
Lieberman, Steve | 0001 | MTC-00012601
Liedtke, Bill | 0001 | MTC-00005405
liegeois@ aol.com | 0001 | MTC-00017317
Lillie, Dale | 0002 | MTC-00030598
Lim Swee Tat | 0001 | MTC-00020254
Linde, Peter | 0001 | MTC-00001365
Lindner, Tim | 0001 | MTC-00016510
Lindsay, Pat | 0001 | MTC-00025463
Line, Moses | 0001 | MTC-00003347
Lingelbach, Rob | 0001 | MTC-00024897
Linharat, Terry | 0001 | MTC-00000274
Linstrom, Virginia | 0001 | MTC-00031865
Lippert, Robert | 0001 | MTC-00005332
Liptock, Andrew | 0001 | MTC-00002527
Liscinsky, Dan | 0001 | MTC-00025493
Little, Robert Lee | 0001 | MTC-00001909
Little, Roger | 0001 | MTC-00031820
Little, Ron | 0001 | MTC-00011785
Littleangels1120@ msn.com | 0001 | MTC-00028202
Litvak, Simon | 0001 | MTC-00006186
Liu, Chappy | 0001 | MTC-00002166
Liu, Linchuen | 0001 | MTC-00022595
Lively, Claudia | 0001 | MTC-00025162
Livschitz, Leonard | 0001 | MTC-00021595
Lizano, JUanita | 0001 | MTC-00028009
Llewellyn, Ken | 0001 | MTC-00025511
Llewellyn, Thomas D. | 0001 | MTC-00006648
Llewellyn, Tom | 0001 | MTC-00021784
Lloyd, Robert | 0001 | MTC-00033265
Lloydage1@ aol.com | 0001 | MTC-00007197
llwurstl@ juno.com | 0001 | MTC-00010442
Locanthi, Bart N. | 0001 | MTC-00000517
Lockner, Thom | 0001 | MTC-00025445
Lockwood, Robert N. | 0001 | MTC-00015301
Lodwick, Richard | 0001 | MTC-00022546
Loendorf, Chris | 0001 | MTC-00017446
Loether, Jeff | 0001 | MTC-00033527
Loevner, Doris | 0001 | MTC-00031564
Lofland, Tandy and Mary | 0001 | MTC-00031933
Lofts, Ben | 0001 | MTC-00015501
Loftus, Mitch | 0001 | MTC-00002866
Logan, Shay | 0001 | MTC-00023876
Lohman, Tom | 0001 | MTC-00026164
Lokavath, Peter | 0001 | MTC-00001481
lolson | 0001 | MTC-00021352
Lombard, Steven | 0001 | MTC-00005476
Lone, Stewart B. | 0001 | MTC-00017509
Lones, Christi | 0002 | MTC-00030281
Loney, Steve | 0007 | MTC-00029624
Loney, Thomas H. | 0001 | MTC-00006448
Long, Alfred | 0001 | MTC-00019786
Long, Go | 0001 | MTC-00020385
Long, Shantay | 0001 | MTC-00018364
Long, Thomas | 0001 | MTC-00018619
longuski@ juno.com | 0001 | MTC-00010876
Loo, Ed | 0001 | MTC-00031817
Lopez de Victoria, Jose L. | 0001 | MTC-00001060
Lopez, David | 0002 | MTC-00001466
Lopez, Lou | 0002 | MTC-00025334
Lorenzen, Brar | 0001 | MTC-00027663
Lorenzen, Ed | 0001 | MTC-00020821
Lorenzini, Robert | 0001 | MTC-00016029
Lorenzini. Robert | 0001 | MTC-00000750
Losse, John | 0001 | MTC-00004880
Lottles, Chuck | 0001 | MTC-00000470
lottza-nivez@ hotmail.com | 0001 | MTC-00010448
lottza—wivez@ hotmail.com | 0001 | MTC-00014573
Lou | 0001 | MTC-00000453
Louis Vonderscheer | 0001 | MTC-00019740
Love, Bill | 0002 | MTC-00010269
Love, Steve | 0001 | MTC-00028520
Lovejoy, Charlie | 0001 | MTC-00019670
Lowell | 0001 | MTC-00000938
Loweth, Christian | 0001 | MTC-00002013
Lowgun | 0001 | MTC-00000776
Lowney, Frank | 0001 | MTC-00001515
Loytty, Bill | 0001 | MTC-00010669
lpropheter | 0001 | MTC-00025194
lrhino@ dcavis.com | 0001 | MTC-00028234
Lrvin, Robert | 0001 | MTC-00023572
lscott@ dollar.com | 0001 | MTC-00028639
Lu, Chaw | 0001 | MTC-00031247
Luby, Thomas | 0001 | MTC-00005507
Lucas, John | 0001 | MTC-00022685
Lucas, Richard | 0001 | MTC-00014586
Lucas, Steven | 0001 | MTC-00016541
Luceute, Anthony | 0001 | MTC-00021743
Luciani, Ralph D. | 0001 | MTC-00001541
Lucier, Ryan | 0001 | MTC-00024452
Lucks, William G. | 0001 | MTC-00011970
Luctta, Don | 0001 | MTC-00031824
Lucza, Paul | 0001 | MTC-00026250
Ludgevardi, Ghassem | 0001 | MTC-00020285
Ludlow, James | 0001 | MTC-00000234
Lugo, Frank | 0001 | MTC-00000161
Lukens, David | 0001 | MTC-00015243
Lund, Kenneth | 0001 | MTC-00016221
Lundberg, Andrew | 0001 | MTC-00016000
Lunde, Oystein | 0001 | MTC-00021596
Lundgren, Andrew | 0001 | MTC-00021461
Lundquist, Don | 0001 | MTC-00018621
Lunn, Mike | 0001 | MTC-00019471
Lurrey, Dan | 0001 | MTC-00022955
Lussier, Edwin J. | 0001 | MTC-00018616
Lussier, Kyle | 0001 | MTC-00023593
Lussier, Kyle | 0001 | MTC-00023623
Luther, James | 0001 | MTC-00019789
Luttman, Aaron | 0001 | MTC-00015643
Luzanskaya, Marina | 0001 | MTC-00027768
Lyda, Kevin | 0001 | MTC-00015237
Lyle, Marie | 0001 | MTC-00018632
Lyman, Rod | 0001 | MTC-00025838
Lymen, Jack | 0001 | MTC-00021412
Lynch, Edward | 0001 | MTC-00000915
Lynch, Jack | 0001 | MTC-00000953
Lynch, Thomas G. | 0001 | MTC-00014593
Lynch, Tom | 0001 | MTC-00030922
Lynn Dobbs | 0001 | MTC-00019718
Lynn, Edwin | 0001 | MTC-00011620
Lyon, Keith | 0001 | MTC-00002953
Lyon, Matt | 0001 | MTC-00002024
Lyons, Charles | 0001 | MTC-00009695
M. M. | 0001 | MTC-00019989
Mabey, Glenn | 0001 | MTC-00033222
Maca, Patricia | 0001 | MTC-00031298
MacAllister, Bill | 0001 | MTC-00001131
MacCallum, Robert | 0001 | MTC-00008009
Maccaro, Joseph | 0001 | MTC-00011470
MacDonald, Alan | 0001 | MTC-00015118
MacDonald, Dorothy | 0001 | MTC-00012558
MacDonald, Ryan | 0001 | MTC-00024573
MacDuffie, Patty | 0001 | MTC-00019761
Mack, Dean | 0001 | MTC-00031053
MacKay, Benjamin | 0001 | MTC-00018755
Mackay, Roy | 0001 | MTC-00019142
Macken, Kevin | 0001 | MTC-00020276
MacKersie, David | 0001 | MTC-00027671
Mackert, Julie | 0001 | MTC-00024040
MacKinnon, Ron | 0002 | MTC-00025320
Mackne, Patty | 0001 | MTC-00006107
Mackne, Patty | 0001 | MTC-00022329
MacKnight, Eric | 0001 | MTC-00002025
Macky | 0001 | MTC-00020776
MacLaughlin, James | 0001 | MTC-00007881
macpros@ pacbell.net | 0001 | MTC-00014662
Mactye, David C. | 0001 | MTC-00008726
macworks@ telocity.com | 0001 | MTC-00001695
Madancy, Steve | 0001 | MTC-00021916
Madden, Ken | 0001 | MTC-00000073
Madden, Mike | 0001 | MTC-00005585
Mader, John | 0001 | MTC-00032410
Magee, Terry | 0001 | MTC-00019771
Magill, Mick | 0001 | MTC-00018361
Magyar, Joel | 0001 | MTC-00006422
Mahan, Robert | 0001 | MTC-00016602
Mahar, Lawrence W. | 0001 | MTC-00027238
Maheshwari, Kamal | 0001 | MTC-00021626
Major, Bryan K. | 0001 | MTC-00032537
Major, Byron | 0001 | MTC-00010002
Major, John | 0001 | MTC-00007978
Maker, Rachel | 0001 | MTC-00029603
Malhotra, Shiven | 0003 | MTC-00029029
Malixi, Vip | 0003 | MTC-00001343
Mallery, Dave | 0001 | MTC-00021918
Mallory, Michael | 0001 | MTC-00003389
Maloney, Jeff | 0001 | MTC-00024018
Maloney, Michael and Louise | 0001 | MTC-00021769
Malouf, Fred | 0001 | MTC-00024359
Man, Yanchou | 0001 | MTC-00016678
Manasse, Christian | 0001 | MTC-00004458
Manasse, Christian | 0001 | MTC-00013160
Manasse, Christian | 0001 | MTC-00001702
ManbytsDog@ aol.com (Johns) | 0001 | MTC-00000741
Mancini, Joseph | 0001 | MTC-00030944
Mandel, Mary Ann | 0001 | MTC-00014066
Mandie(b) | 0001 | MTC-00019977
Maness, Deborah | 0001 | MTC-00000852
Mangiafico, Paolo | 0001 | MTC-00021497
Manglani, Rajiu Aaron | 0001 | MTC-00022394
Maniace, Vincent | 0001 | MTC-00003296
Manley, Kip | 0001 | MTC-00018990
Mann, Bill | 0001 | MTC-00009339
Mann, Dan B. | 0001 | MTC-00017181
Mann, Joel | 0001 | MTC-00009398
Mannay, Larry | 0001 | MTC-00011237
Manning, John | 0001 | MTC-00022323
Manning, John | 0001 | MTC-00008513
Mannino, Carl | 0001 | MTC-00020601
Manor, Matthew | 0001 | MTC-00016902
Manson, Bert | 0001 | MTC-00000984
Marble, Richard | 0004 | MTC-00030656
Marc@ africagems.com | 0001 | MTC-00010353
Marcella, Matthew | 0001 | MTC-00000208
MarcGil@ aol.com | 0001 | MTC-00012617
Marcoline, Randy | 0001 | MTC-00009011
Marcucci, MJ | 0001 | MTC-00030659
Mardeanmat@ webtv.net | 0001 | MTC-00012688
Mardi | 0001 | MTC-00008838
Marer, David | 0001 | MTC-00007995
Margetts, Chad | 0001 | MTC-00022282
Margolis, Stewart | 0001 | MTC-00018378
Marguette, Campbell | 0001 | MTC-00025339
Margulies, Adam | 0001 | MTC-00018238
Mari, Arthur | 0001 | MTC-00026211
Mariano, Alicia | 0001 | MTC-00031280
Maring, Rick | 0001 | MTC-00001405
Mark | 0001 | MTC-00016946
mark-pugh@ home.com | 0001 | MTC-00021419
Markham, Gervase | 0001 | MTC-00020396
Markle, John | 0001 | MTC-00017033
Marks, Brandon | 0001 | MTC-00000935
Marks, Victor | 0001 | MTC-00016508
MarkSchulman@ Convergys.com | 0001 | MTC-00000158
Markuszka, John | 0001 | MTC-00022516
Marky, Raymond | 0001 | MTC-00022328
Marley, Marlene | 0001 | MTC-00024957
Marney, Stephen | 0001 | MTC-00010835
Marone, Antonio and Josephin | 0001 | MTC-00001105
Marquez, Julio | 0001 | MTC-00026766
Marquez, kay | 0001 | MTC-00012696
Marraro, Tony | 0001 | MTC-00025600
Marriott, John | 0001 | MTC-00025458
Marrow, Robert | 0001 | MTC-00006141
Marschka, F. David | 0001 | MTC-00033666
Marsh, Don | 0001 | MTC-00000076
Marshall, Carl | 0001 | MTC-00015512
Marshall, Cheshana | 0001 | MTC-00024930
Marshall, Eric | 0001 | MTC-00024042
Marsiglia, Nancy | 0001 | MTC-00031899
martee377@ aol.com | 0001 | MTC-00027307
Martens, Jeff | 0001 | MTC-00001721
Martin, Charlotte/Perry, Donald | 0001 | MTC-00021728
Martin, D. K. | 0001 | MTC-00008725
Martin, Frank | 0001 | MTC-00010162
Martin, Frank J. | 0001 | MTC-00010156
Martin, Gordon | 0001 | MTC-00011647
Martin, Jay | 0001 | MTC-00021898
Martin, John | 0001 | MTC-00029611
Martin, Jorge | 0001 | MTC-00025102
Martin, Jose & Patricia | 0001 | MTC-00031105
Martin, Karl | 0001 | MTC-00001614
Martin, Rod | 0001 | MTC-00024638
Martin, Todd | 0001 | MTC-00016516
Martinez, Elaine | 0001 | MTC-00025687
Martiz, Nicholas | 0001 | MTC-00032067
Martucci, Paul | 0001 | MTC-00023403
Marx, Gordon | 0001 | MTC-00018635
Maryott, William | 0001 | MTC-00026377
Mascaro, Steven | 0001 | MTC-00021933
Mason | 0001 | MTC-00018236
Mason, Chuck | 0001 | MTC-00014974
Massey, David | 0001 | MTC-00000080
Massey, Jim | 0001 | MTC-00000755
Massey, Marietta; Massey, David | 0002 | MTC-00000229
Massey, Shane | 0001 | MTC-00020627
Masters, Joe | 0001 | MTC-00007797
Masterson, Gary | 0001 | MTC-00007952
matchx70@ hhotmail.com | 0001 | MTC-00033549
matduck39@ hotmail.com | 0001 | MTC-00021427
Mather, T.J. | 0001 | MTC-00028161
Matheson, Branson | 0001 | MTC-00015879
Matheson, Lynette | 0001 | MTC-00026541
Mathis, Charles | 0002 | MTC-00005404
Mathisen, Raymond A. | 0001 | MTC-00025432
Mathison, Leslie | 0001 | MTC-00024647
Matle, Michel | 0001 | MTC-00002991
Matos, Robert | 0002 | MTC-00002331
Matson, Kirsten | 0002 | MTC-00008309
Matson, Kristen | 0002 | MTC-00012117
Matt | 0001 | MTC-00018122
Matt Langford | 0001 | MTC-00019725
Matte, Jeanette | 0001 | MTC-00024399
Matthews, Gary | 0001 | MTC-00017432
Matthews, John W. | 0002 | MTC-00030811
Matthews, Ronald | 0001 | MTC-00019310
Matulich, Dan | 0001 | MTC-00025481
Matuszewski, Pete | 0001 | MTC-00026166
Mausenhelden, Gwen | 0001 | MTC-00001079
maxrice@ charter.net | 0001 | MTC-00028607
Maxwell, Mark | 0001 | MTC-00015387
May, David | 0001 | MTC-00003477
May, Michael | 0001 | MTC-00028888
May, Tim | 0001 | MTC-00022988
Mayers, George | 0001 | MTC-00008400
Mbanks@ sport.rr.com | 0001 | MTC-00028155
mbrell | 0001 | MTC-00021393
McAdams, Rich | 0001 | MTC-00031263
McArdle, Kelly | 0001 | MTC-00015231
McArhtur, LLoyd | 0001 | MTC-00022101
McArtor, Robert | 0001 | MTC-00029139
McBride, John | 0001 | MTC-00000528
McBride, John | 0001 | MTC-00000527
McCabe, Geoffrey | 0004 | MTC-00002026
McCain, John | 0001 | MTC-00016691
McCall, Keith | 0002 | MTC-00018694
McCalley, Karl | 0002 | MTC-00030908
McCallion, Joseph | 0001 | MTC-00008368
McCallum, Malcom | 0001 | MTC-00002207
McCann, Les | 0001 | MTC-00003519
McCarthy, George W. | 0001 | MTC-00026523
McCarthy, Orlene | 0001 | MTC-00008960
McCarthy, William | 0001 | MTC-00028669
McCarty, Michael | 0001 | MTC-00004872
McCauley, John | 0001 | MTC-00008008
McCauley, M.L. | 0001 | MTC-00021548
McCauley, Robert | 0001 | MTC-00031260
McChesney, James | 0001 | MTC-00005446
McClain, gerald | 0001 | MTC-00027691
McClain-Furmanski, Dennis | 0001 | MTC-00000098
McClarren, Judy | 0001 | MTC-00024857
McClellan, Erin | 0001 | MTC-00017274
McClellan, Stan | 0001 | MTC-00001160
McClure, Carol | 0001 | MTC-00025333
McColloch, Larry | 0001 | MTC-00000246
McCollum, Liz | 0001 | MTC-00021045
McConnell, Robert | 0003 | MTC-00028691
McCormick, Bob | 0001 | MTC-00001903
McCormick, Drew | 0001 | MTC-00002238
McCoy, Jimmy | 0001 | MTC-00028840
McCoy, John | 0001 | MTC-00021243
McCready, Bruce | 0001 | MTC-00016189
McCullough, Brendan | 0001 | MTC-00027074
McCurley, Marsha | 0001 | MTC-00001261
McCutchen, Joe and Barbara | 0001 | MTC-00026777
McDaniel, Gary | 0001 | MTC-00018997
McDaniel, Harvey | 0001 | MTC-00000818
McDaniel, Harvey | 0001 | MTC-00003661
McDiffett, Bruce | 0002 | MTC-00028678
McDonald, Brett | 0001 | MTC-00008864
McDonald, Patrick | 0001 | MTC-00015815
McDonald, Richard | 0001 | MTC-00001571
McDonald, Steven | 0001 | MTC-00018355
McDonald, Steven | 0001 | MTC-00023450
McDowell, L esley D. | 0001 | MTC-00026036
McEhaney, Thomas | 0001 | MTC-00027670
McGee, Steve | 0001 | MTC-00027718
McGill, Michael P. | 0001 | MTC-00015343
McGinley, Dave | 0001 | MTC-00028494
McGloun-King, Jamie | 0002 | MTC-00000069
McGonigle, Bill | 0001 | MTC-00021783
McGowan, Jay D. | 0001 | MTC-00002984
McGrath, Tom | 0001 | MTC-00025707
McGraw, Bill | 0001 | MTC-00000005
McGraw, Patrick | 0001 | MTC-00024619
McGraw, Robert | 0001 | MTC-00017778
McGrew, Chris | 0001 | MTC-00000022
McGrew, Chris | 0001 | MTC-00024629
MCGurk, William | 0001 | MTC-00033575
McGurl, Dan | 0002 | MTC-00030291
McKay, Gordon C. | 0001 | MTC-00025534
McKee, Lloyd | 0001 | MTC-00012121
McKee, Richard | 0001 | MTC-00015682
McKeener, Don | 0001 | MTC-00026035
McKenna, Dennis | 0001 | MTC-00032417
Mckenna, Warren | 0001 | MTC-00001052
McKinley, Carol | 0001 | MTC-00030840
McKinley, Paul and Layne | 0001 | MTC-00005443
McKinney, Terence | 0001 | MTC-00001489
McLain, Lee | 0001 | MTC-00000550
McLain, Lee | 0001 | MTC-00016489
McLaren, Marlene | 0002 | MTC-00030583
McLClintock, jon | 0001 | MTC-00017066
McLennan, Bob | 0001 | MTC-00021713
McLeod, Patrick | 0001 | MTC-00019160
McMahon, Michael | 0001 | MTC-00000585
McManus, Jeff | 0001 | MTC-00001698
McManus, Justin | 0001 | MTC-00018611
McMillen, James E. | 0001 | MTC-00027205
McMillian, Lois | 0001 | MTC-00005485
McNair, Andrew | 0001 | MTC-00020707
McNall, Michael | 0001 | MTC-00001400
McNalley, Michael | 0002 | MTC-00014356
McNamara, Catherine | 0001 | MTC-00023046
McNeal, Robert | 0001 | MTC-00002002
McNeany, Michael | 0001 | MTC-00017443
McPherson, Roy | 0002 | MTC-00020483
McPherson, Sean | 0001 | MTC-00015250
McQuay, Laurene | 0001 | MTC-00011142
McQuay, Michael | 0002 | MTC-00018646
McReynolds, David | 0002 | MTC-00030906
McSwain, Ken | 0001 | MTC-00007285
McSweeney, Diane | 0001 | MTC-00019293
Mcubed Technologies | 0001 | MTC-00024348
McVoy, Larry | 0001 | MTC-00003409
Meaders, Jud | 0001 | MTC-00004808
Meaders, Jud | 0001 | MTC-00027162
Meaders, Judd | 0001 | MTC-00000223
Mealer, George | 0001 | MTC-00018636
meandyou@ stny.rr.com | 0001 | MTC-00021408
Meaney, Daniel | 0001 | MTC-00031296
Means, Robert | 0001 | MTC-00023834
Mears, Ed | 0001 | MTC-00021643
Mechlowitz, Milton | 0001 | MTC-00007391
Mechlowitz, Milton | 0001 | MTC-00012603
Medlock, Cleburne | 0001 | MTC-00032105
Meek, J.D. | 0001 | MTC-00018644
Meese, Jackie | 0001 | MTC-00021650
Meeth, Nicholas | 0001 | MTC-00015235
Meggers, Roger | 0001 | MTC-00031286
Meggers, Roger | 0001 | MTC-00031292
Mehler, Mike | 0001 | MTC-00011503
Meixner, David | 0001 | MTC-00023809
Mellor, Robert | 0001 | MTC-00029041
Meloon, Walter | 0001 | MTC-00031270
Melvin, Kenneth | 0001 | MTC-00021788
Mendez, wilson | 0001 | MTC-00024386
Meng, Bethy | 0001 | MTC-00008040
Menking, Stewart | 0001 | MTC-00007987
Mensch, Dale | 0001 | MTC-00015631
Mera, Andres | 0001 | MTC-00012708
Merce, Christopher | 0001 | MTC-00016755
Mercer, Annette | 0001 | MTC-00019767
Mercer, Trish | 0001 | MTC-00009742
Merhar, Joe | 0001 | MTC-00016941
Merner, Philip | 0001 | MTC-00000821
Merrell, Trey | 0001 | MTC-00016320
Merritt, Tim | 0001 | MTC-00022154
Merrll, Dave | 0001 | MTC-00022957
Mertens, Sam | 0001 | MTC-00016670
Messersmith, Dan | 0001 | MTC-00005426
Mestel, David | 0001 | MTC-00018691
Metcalfe, Douglas | 0001 | MTC-00004308
Metclaf, Peter | 0001 | MTC-00021348
Metter, Steve | 0001 | MTC-00015094
Metz, Shmuel | 0001 | MTC-00033485
Metzger, Allen M. | 0001 | MTC-00028204
Metzler, Diane | 0001 | MTC-00000726
Meyer, Frank | 0001 | MTC-00003844
Meyer, Gerald | 0001 | MTC-00005833
Meyer, Michael L. | 0001 | MTC-00001782
Meyer, Mike | 0001 | MTC-00018650
meyerforest@ aol.com | 0001 | MTC-00014567
Meyers, Frank | 0001 | MTC-00009363
Meyers, Gary | 0001 | MTC-00000455
Meyerson, Irving | 0001 | MTC-00012909
Meyn, Klaus | 0001 | MTC-00007294
Mezori, George | 0001 | MTC-00009362
Mgb-bas@ onediaone.net | 0001 | MTC-00010420
mgb—bas@ mediane.net | 0001 | MTC-00014496
Mheyes | 0001 | MTC-00015040
Miata, Felix | 0001 | MTC-00019240
Miceli, Giorgio G.A. Sr. | 0001 | MTC-00025750
Michael | 0001 | MTC-00013741
Michael | 0001 | MTC-00015893
Michael, Ed | 0001 | MTC-00020357
Michaelian, Heidi | 0001 | MTC-00028884
Michel, Jason | 0001 | MTC-00027164
Michel, Nicola | 0001 | MTC-00000932
Michel, Nicolai | 0001 | MTC-00030669
Michelman, William | 0001 | MTC-00005487
Michelson, Charlie | 0001 | MTC-00002205
micki3034@ webtv.net | 0001 | MTC-00014522
micki3034@ webtv.net | 0001 | MTC-00021404
Micorsoft ATR [sic] | 0001 | MTC-00014670
Microsoft Action | 0001 | MTC-00002958
Microsoft ATR | 0001 | MTC-00028073
Midgley, Brad | 0001 | MTC-00015549
Midofer, Michele | 0001 | MTC-00024468
Mihail | 0001 | MTC-00005807
Miichaud, C. Andrew | 0001 | MTC-00024147
mike-urban@ hnc.com | 0001 | MTC-00014541
mike@ theputnams.net | 0001 | MTC-00019694
mikey's2@ pacbell.net | 0001 | MTC-00012725
mikeziegler@ arrowfastener.com | 0001 | MTC-00010391
Miles, Robert | 0001 | MTC-00012553
Mileti, Bob | 0001 | MTC-00015315
Millage, David | 0001 | MTC-00029807
Miller, Aaron | 0001 | MTC-00000371
Miller, Andrew | 0002 | MTC-00000071
Miller, Arthur | 0001 | MTC-00030827
Miller, Arthur | 0001 | MTC-00030828
Miller, Clint | 0002 | MTC-00027739
Miller, Dale | 0001 | MTC-00011387
Miller, Damon | 0001 | MTC-00028806
Miller, Don | 0002 | MTC-00031818
Miller, Fredrick | 0001 | MTC-00001233
Miller, Geoff | 0001 | MTC-00009346
Miller, Grant | 0001 | MTC-00026801
Miller, Greg | 0001 | MTC-00001230
Miller, Jacob Dorsett | 0001 | MTC-00019678
Miller, James | 0001 | MTC-00006160
Miller, James | 0001 | MTC-00029427
Miller, Lou | 0001 | MTC-00022162
Miller, Luana | 0002 | MTC-00011566
Miller, Raul | 0002 | MTC-00017558
Miller, Ronald L. | 0001 | MTC-00000065
Miller, Sharon | 0001 | MTC-00029619
Miller, Sharon K. | 0001 | MTC-00024369
Miller, Sharon K. | 0001 | MTC-00024379
Miller, Steve | 0002 | MTC-00008691
Miller, Thomas | 0001 | MTC-00027310
Miller, Timothy | 0001 | MTC-00000990
Miller, Wayne | 0001 | MTC-00004317
Millet, John | 0001 | MTC-00033863
Milligan, Forrest | 0001 | MTC-00029045
Millington, John | 0001 | MTC-00019152
Mills, Cathy | 0001 | MTC-00007353
Mills, Emerson | 0001 | MTC-00023816
Mills, Jack | 0001 | MTC-00028933
Mills, sam | 0001 | MTC-00024491
Mills, Walter | 0001 | MTC-00009679
Millwood@ aol.com | 0001 | MTC-00008708
Milner, David | 0001 | MTC-00016322
Minder, Stephen | 0001 | MTC-00011595
Mindfull | 0001 | MTC-00025434
Minoofar, Albert | 0002 | MTC-00028660
Minor, Ira J. | 0001 | MTC-00022159
Minor, Wayne | 0001 | MTC-00025053
Miranto, Jim | 0001 | MTC-00025751
Mirchandani, Gop | 0001 | MTC-00008963
Mires, David | 0001 | MTC-00030547
Missimer, Pam | 0001 | MTC-00021032
Mistac1@ cox.net | 0001 | MTC-00014661
Misyura, Andrew | 0001 | MTC-00021619
Mitchell, Edmund | 0001 | MTC-00020760
Mitchell, Elliott | 0001 | MTC-00028841
Mitchell, Michael | 0001 | MTC-00033552
Mitchell, Robert | 0001 | MTC-00031265
Mitchell, Roy | 0001 | MTC-00003264
Mitchell, Steven W. | 0002 | MTC-00002956
Mitchum, Spencer | 0001 | MTC-00001942
Mitts, Doug | 0001 | MTC-00020373
Miudling, Sebastian | 0001 | MTC-00023598
Mlorelan, Rick | 0001 | MTC-00000981
mmerkel@ adelphi.net | 0001 | MTC-00021957
Moeckel, Robert | 0001 | MTC-00021159
Moeller, Karl | 0001 | MTC-00018582
Mok, Kin-Yip | 0001 | MTC-00026767
Moldawsky, Marek | 0001 | MTC-00030902
Molinari, Nicholas | 0001 | MTC-00009664
Moll, Michael C. | 0002 | MTC-00005602
Mollerus, Tom | 0001 | MTC-00020115
Monroe, Carl | 0001 | MTC-00024093
Montuoro, Frank | 0001 | MTC-00007228
Montuoro, Frank | 0001 | MTC-00007249
Moore, Adrian | 0010 | MTC-00031894
Moore, Chris | 0002 | MTC-00000961
Moore, Greg | 0001 | MTC-00020251
Moore, Juanito | 0001 | MTC-00026436
Moore, Robert W. | 0001 | MTC-00024908
Moore, Ronald | 0001 | MTC-00031588
Moore, Sean | 0001 | MTC-00023503
Moore, Steven | 0001 | MTC-00021203
Moore, V.S. | 0001 | MTC-00001513
Moran, Douglas B. | 0001 | MTC-00002894
Moran, Robert | 0001 | MTC-00009316
Morceno, Frank | 0001 | MTC-00025469
Moreau, Ken | 0001 | MTC-00001058
Moreland, Earl | 0001 | MTC-00011962
Moresi, Peter | 0002 | MTC-00003440
Morfee, Donald | 0001 | MTC-00031297
Morgan, Matthew | 0001 | MTC-00019690
Morgan, Bruce | 0001 | MTC-00028557
Morgan, Travis | 0001 | MTC-00024500
Morley, Maul | 0001 | MTC-00025894
Mormardo, Mike | 0001 | MTC-00000987
Mornig, Douglas | 0001 | MTC-00022313
Morris, Jonathan | 0001 | MTC-00017435
Morris, Michael | 0001 | MTC-00017586
Morris, Nathans | 0001 | MTC-00028101
Morris, Richard | 0001 | MTC-00014412
Morrisona, Geoff | 0001 | MTC-00012055
Morrow, Nicky | 0001 | MTC-00003307
Morrow, Nicky | 0001 | MTC-00000285
Morse, Ben | 0001 | MTC-00017429
Morss, Charlie | 0001 | MTC-00017994
Morton, Mark | 0001 | MTC-00002900
Morton, Robert | 0001 | MTC-00001153
Moruillier, Francois | 0001 | MTC-00015228
Moser, RJ | 0001 | MTC-00000054
Moskin, Lord | 0001 | MTC-00017892
Moss, J. Daniel | 0001 | MTC-00029309
Moss, James | 0001 | MTC-00022341
Moureau, Stephanie | 0003 | MTC-00001047
Moxcey, Mike | 0001 | MTC-00003302
Moya, Andres | 0001 | MTC-00015457
Moya, Fabiano | 0001 | MTC-00032391
Mr. Alcourt | 0001 | MTC-00019697
mrcpu@ ntemail.internetcos.com | 0001 | MTC-00019084
Mrmaced@ aol.com | 0001 | MTC-00002047
mrmaeman23 | 0001 | MTC-00025555
Mroczkowski, Andy | 0001 | MTC-00016820
msquires@ aol.com | 0001 | MTC-00027311
mtroslei | 0001 | MTC-00021376
Muccigrosso, John | 0001 | MTC-00024113
Muckey, Sheri | 0001 | MTC-00020367
Mueller, Paul | 0001 | MTC-00026244
Mugar, Paul | 0001 | MTC-00019675
Muguira, James | 0001 | MTC-00017568
Muhlenberg, Fred | 0001 | MTC-00021901
Mulhall, John | 0001 | MTC-00030257
Mullenix, Lonnie | 0001 | MTC-00000319
Muller, Max | 0001 | MTC-00019332
Mullins, Daphanie | 0001 | MTC-00004309
Mullins, James R. | 0001 | MTC-00030848
mumsy37@ aol.com | 0001 | MTC-00000617
Muniz, Daniel | 0001 | MTC-00002172
Munoz, Dorothy G. | 0001 | MTC-00026685
Munsat, Elizabeth | 0001 | MTC-00027678
Munson, Jane | 0001 | MTC-00008367
Mupi, John | 0001 | MTC-00000763
Muraki, Doug | 0001 | MTC-00030841
Murawski, Robert K. | 0001 | MTC-00024502
Murdoch, Lee | 0001 | MTC-00026061
Murdock, Chloe | 0001 | MTC-00033344
Murghart, John | 0001 | MTC-00033224
Murphy, C. R. | 0001 | MTC-00002327
Murphy, James T. | 0001 | MTC-00008697
Murphy, Jeannene | 0001 | MTC-00028626
Murphy, John | 0001 | MTC-00010853
Murphy, Joseph | 0001 | MTC-00020370
Murphy, Lila | 0001 | MTC-00023639
Murray, Eric | 0001 | MTC-00000100
Murray, Eric | 0001 | MTC-00017099
Murray, Eric | 0001 | MTC-00022996
Murray, Muriel | 0001 | MTC-00031273
Murray, Renee and Cameron T | 0001 | MTC-00001934
Murray, William E. | 0001 | MTC-00001003
Murty, Krishna | 0002 | MTC-00009141
Mycroft, Richard | 0001 | MTC-00004903
Myers, Charles | 0001 | MTC-00025049
Myers, Jim | 0001 | MTC-00030259
Myers, Michael | 0002 | MTC-00028677
Myers, Nathan | 0001 | MTC-00017330
Myerson, Daniel A. | 0001 | MTC-00010524
Myre, Oscar | 0001 | MTC-00001497
N.C. | 0001 | MTC-00022992
n2zamaroso@ aol.com | 0001 | MTC-00014528
Nadle, David | 0001 | MTC-00028254
Naglich,Jason | 0001 | MTC-00019766
Nall, Clint | 0001 | MTC-00024498
Name Unknown | 0001 | MTC-00030845
name unreadable | 0001 | MTC-00029601
name unreadable | 0001 | MTC-00029981
nanandkitty@ bigplanet.com | 0001 | MTC-00028584
Narowetz, Scott | 0001 | MTC-00016689
Nasal, Caroline | 0001 | MTC-00017763
Nash, Chris | 0001 | MTC-00016699
Nasman, Keith | 0001 | MTC-00026357
Nathaniel | 0001 | MTC-00022194
Natsoulis, Nicolaos | 0001 | MTC-00030562
Nauta, Roger | 0001 | MTC-00006135
Navarro, Luis | 0001 | MTC-00029804
Nayfield, Rod | 0001 | MTC-00024899
Naylor, Robert | 0001 | MTC-00019462
Nazarian, Bruce | 0002 | MTC-00028656
Nazario, Alvin L. | 0001 | MTC-00001737
nbleyer@ Hotmail.com | 0001 | MTC-00025185
Neal, randy | 0001 | MTC-00008599
Neale, Bennett | 0001 | MTC-00027341
Neckolaishen, Patrick W. | 0001 | MTC-00018657
Necoechea, WIlliam | 0001 | MTC-00011004
Nedgam@ aol.com | 0001 | MTC-00006884
Nedich, Zoran | 0001 | MTC-00001788
Neeley, Lee | 0001 | MTC-00019796
Neely, Andrew | 0001 | MTC-00028770
Neely, Robert | 0001 | MTC-00004374
Neff, Samuel | 0001 | MTC-00002890
Negolo Bolen,Jr. | 0001 | MTC-00019713
neil@ peekshows.com | 0001 | MTC-00017054
Nelms, Jan W. | 0001 | MTC-00002998
Nelson, Ammie | 0001 | MTC-00025314
Nelson, Charles D. | 0001 | MTC-00032420
Nelson, Michael | 0001 | MTC-00030252
Nelson, Michael | 0001 | MTC-00030937
Nelson, Robert | 0002 | MTC-00013798
Nelson, Russell | 0001 | MTC-00023818
Nemat-Nasser, Syrus | 0001 | MTC-00018659
Nemesis, Enfarar | 0001 | MTC-00010413
Nemoy, Yaakov | 0001 | MTC-00026360
Nesbitt, Elizabeth and Donton, C. Anderson | 0001 | MTC-00023519
Netterfield, Barth | 0001 | MTC-00000944
Neugroschl, Scott | 0001 | MTC-00023832
Newcase ATR | 0003 | MTC-00032293
Newcomb, James | 0001 | MTC-00008337
Newlon, Mark | 0001 | MTC-00022612
Newman, David | 0001 | MTC-00022994
Newman, James B. | 0001 | MTC-00033282
Newman, Rut | 0001 | MTC-00022196
Newmann, Lawrence | 0001 | MTC-00025404
Newsom, Cullen | 0001 | MTC-00019494
Newton, George | 0001 | MTC-00027717
Newton, Pete | 0001 | MTC-00013842
Nextone000@ aol.com | 0001 | MTC-00007011
Ng, Martin | 0001 | MTC-00022344
Nguyen, Don | 0002 | MTC-00012395
Niblock, Ashley | 0001 | MTC-00024420
Nice, Denise and Jim | 0001 | MTC-00033435
Nichols, Grady | 0001 | MTC-00027169
Nichols, Jerry | 0001 | MTC-00021473
Nichols, Patrick | 0001 | MTC-00015354
Nicholson, Stephen | 0001 | MTC-00020270
Nickel, Brad | 0001 | MTC-00005409
Nickel, Stephen | 0001 | MTC-00031883
Nickelson, Cecil | 0001 | MTC-00025321
Nickisher, Michael | 0001 | MTC-00005528
Nicol, Monty | 0001 | MTC-00004971
Nicoletti, Todd | 0001 | MTC-00018366
Nicoll, Lyman | 0001 | MTC-00022965
Niebling, Jonathan | 0001 | MTC-00021896
Niederman, Alfred | 0001 | MTC-00005484
Niedermayer, Pam | 0001 | MTC-00001404
Niehenke, K. | 0001 | MTC-00029717
Niehoff, David | 0001 | MTC-00017037
Nielsen, Sven | 0001 | MTC-00016686
Nielsen, Will | 0001 | MTC-00027122
Nielson, Richard | 0001 | MTC-00007031
Niemann, James L. Sr. | 0001 | MTC-00009627
Niemann, Zachery | 0001 | MTC-00001124
Nienaber, Bill | 0001 | MTC-00017557
Nievwenhuis, Norman | 0001 | MTC-00023597
Nilsson, Sam | 0001 | MTC-00017544
nmanning73@ home.com | 0001 | MTC-00014680
nn@ broadcom.com | 0001 | MTC-00000210
No Name | 0001 | MTC-00003373
No Name | 0001 | MTC-00003374
Noberg, Clifford | 0001 | MTC-00027346
Noble, William | 0001 | MTC-00005318
Noetzelman, Jeremy | 0001 | MTC-00018357
Noland, Peebles | 0001 | MTC-00010972
Nolen, Jonathan | 0001 | MTC-00023846
Noll, Julie | 0001 | MTC-00002267
noman@ shidbey.com | 0001 | MTC-00012734
Norloff, Pete | 0001 | MTC-00010898
normal152@ webtv.net | 0001 | MTC-00024265
Norris, H. T. | 0002 | MTC-00030554
Norsworthy, George H. | 0001 | MTC-00001734
Norton, Joe | 0001 | MTC-00019764
Norwood, Chris | 0001 | MTC-00001143
Noskowski, Ed | 0001 | MTC-00006926
Nostrano, Tom | 0001 | MTC-00022080
Notara, Charles | 0001 | MTC-00000986
nothanks@ aol.com | 0001 | MTC-00014566
nterhoeve@ gmstl.com | 0001 | MTC-00007860
Nuckolls, Neal NN@ Broadcom.com | 0002 | MTC-00000164
Null, Richard T. | 0001 | MTC-00023027
Nunez, Aurelio | 0001 | MTC-00014766
Nuovo, Frank and Francesca | 0001 | MTC-00028047
Nutton, Thomas | 0001 | MTC-00012514
Nystrom, Bob | 0002 | MTC-00000233
O'Banion, Sharon | 0001 | MTC-00031251
O'Brien, Andrew | 0001 | MTC-00014986
O'Brien, David | 0001 | MTC-00001069
O'Brien, James | 0001 | MTC-00001411
O'Brien, Matt | 0002 | MTC-00001933
O'Brien, Pat | 0001 | MTC-00019460
O'COnnor, Christopher | 0001 | MTC-00020465
O'Connor, Jim | 0001 | MTC-00021105
O'Doherty, Ned | 0001 | MTC-00030296
O'Farrell, Charles | 0002 | MTC-00031246
O'Neil, Arthur | 0001 | MTC-00030579
O'Neill, Pete | 0001 | MTC-00027196
O'toole, Sean | 0001 | MTC-00032398
O'Toole, Steven | 0001 | MTC-00022892
O/Connell, James | 0001 | MTC-00032386
Oakes, Charles | 0001 | MTC-00001083
Obal, Philip | 0001 | MTC-00001319
Oberlin, Steve | 0001 | MTC-00001159
Oblak, Carolyn | 0001 | MTC-00025453
Obregozo, Peter | 0001 | MTC-00020073
Odem, Steve | 0001 | MTC-00000140
Odood, Alexnader | 0001 | MTC-00001451
Ogden, Jon | 0001 | MTC-00014206
Ogles, David | 0001 | MTC-00031869
Oglesby, John | 0001 | MTC-00022954
Ogulin, Joseph | 0001 | MTC-00003092
Ohlander, Ron | 0002 | MTC-00028688
Oien, Al | 0001 | MTC-00025700
Okafur, Chuka | 0001 | MTC-00009340
Olafson, Kenneth | 0001 | MTC-00028026
Olding, Nigel | 0001 | MTC-00017122
Olecheck, Sheryl | 0001 | MTC-00030941
Olegar, David | 0001 | MTC-00023806
Olegar, Davis | 0001 | MTC-00033335
olive70@ juno.com | 0001 | MTC-00026383
Oliver, Nicholas | 0001 | MTC-00031819
Olivers, Howard | 0001 | MTC-00026506
Olliver, Vik | 0001 | MTC-00001080
Olsen, Peter | 0001 | MTC-00020794
Olsen, Ralph | 0001 | MTC-00000163
Olson, Gene | 0001 | MTC-00018218
Olson, Marie | 0001 | MTC-00030565
Olson, Todd | 0001 | MTC-00026754
One, Marc | 0001 | MTC-00000393
ONEFASTED@ aol.com | 0001 | MTC-00007368
Ontmar, Homer L. | 0001 | MTC-00025411
Opnotic | 0001 | MTC-00002897
Oppenheimer, Alan | 0001 | MTC-00019486
Orchard, Ian | 0001 | MTC-00002116
Orgeman, David | 0001 | MTC-00015540
Ortiz, Jose | 0001 | MTC-00015545
Osborne, Janice | 0001 | MTC-00028873
Oscar, Vela | 0001 | MTC-00000502
Oshea, Jerry | 0001 | MTC-00026209
Oshita, Larry | 0001 | MTC-00025485
Ostertag, Samuel | 0001 | MTC-00005351
Ostravich, Greg | 0001 | MTC-00001471
Ostrom, Ardis | 0001 | MTC-00005547
Oswald, Matthew | 0001 | MTC-00019784
Otersen, Anne | 0001 | MTC-00030260
Otis, Rich | 0001 | MTC-00031881
Otte, Ervin G. | 0001 | MTC-00026828
Otte, Richard | 0001 | MTC-00018580
Ourisman, David | 0001 | MTC-00025307
OUrsland, Alan | 0001 | MTC-00017247
Overbo, Mike | 0001 | MTC-00016929
Overton, Michael | 0001 | MTC-00001635
Owen, Chris | 0001 | MTC-00018382
Owen, Dave | 0002 | MTC-00018993
Owen, Kurt | 0001 | MTC-00012729
Owens, Desmond | 0001 | MTC-00028498
Owens, Joyce | 0001 | MTC-00008951
Owens, William | 0001 | MTC-00000921
Oxford, Ron | 0002 | MTC-00018991
p825j@ aol.com | 0001 | MTC-00001215
Paavola, William | 0001 | MTC-00000247
Pachla, Karen | 0001 | MTC-00024110
Pacow, Christopher | 0001 | MTC-00020382
Padgett, Stan | 0002 | MTC-00000219
Page, Andrew M. | 0001 | MTC-00025449
Page, Don | 0001 | MTC-00032357
Page, Ellen | 0001 | MTC-00006174
Page, Nathan | 0001 | MTC-00027941
Paget, Nels | 0001 | MTC-00020386
Painley, Raymond and Merle | 0001 | MTC-00006363
Pale, Addison | 0001 | MTC-00026391
Palen, Joe | 0001 | MTC-00023638
Palfini, Dorothy | 0001 | MTC-00030743
Palma, Christine | 0001 | MTC-00019785
Palmer, Joseph | 0001 | MTC-00022951
Palmstrom, Matti | 0001 | MTC-00023680
Pamela Jasins | 0001 | MTC-00019706
Panceac, Cornel | 0001 | MTC-00002650
Panger, Galen | 0001 | MTC-00025311
Pankavich, Joan M. | 0001 | MTC-00009798
Pankratz, H. | 0001 | MTC-00030594
Panter, M.P. | 0001 | MTC-00007957
Panzera, Michael | 0002 | MTC-00027619
PAPA2SHORTS@ aol.com | 0001 | MTC-00014665
Papachristou, C. | 0001 | MTC-00016337
Paquin, Brian T. | 0001 | MTC-00001201
Parde, Duane | 0002 | MTC-00030278
Parekh, Vic | 0001 | MTC-00017857
Parikh, Hetal | 0001 | MTC-00026884
Paris, Christopher | 0001 | MTC-00001104
Parisi, HC | 0001 | MTC-00027687
Parker Jr., John | 0001 | MTC-00030539
Parker, C. J. | 0002 | MTC-00011209
Parker, Jason | 0001 | MTC-00015109
Parker, Kenneth | 0001 | MTC-00007063
Parker, Marion | 0001 | MTC-00009701
Parker, Murray | 0001 | MTC-00022826
Parker, Philip | 0001 | MTC-00024618
Parker, Robert I. | 0001 | MTC-00009189
Parker, Thomas | 0001 | MTC-00018353
Parkhill, Thomas | 0001 | MTC-00027236
Parkkinen, Paavo | 0001 | MTC-00026765
Parks, Eldridge | 0001 | MTC-00029971
parksrs@ swbell.net | 0001 | MTC-00014576
Parmater, Jon | 0001 | MTC-00027240
Parnes, Bob | 0001 | MTC-00019128
Parr, Randall J. | 0001 | MTC-00023052
Parrish, Wendell | 0001 | MTC-00025313
Parry, Chris | 0001 | MTC-00018688
Parry, Don | 0001 | MTC-00028020
Parsons, Steve | 0001 | MTC-00009737
Partipilo, Frank | 0001 | MTC-00024708
Partridge, Ken | 0001 | MTC-00005242
Partridge, Rand | 0001 | MTC-00000520
Pasenelli, George and Burdena | 0001 | MTC-00007386
Pasqualini, David A. | 0001 | MTC-00028250
Passman, Barbara | 0001 | MTC-00002134
Pastorino, Ray | 0001 | MTC-00006719
Pat, Steven | 0001 | MTC-00017091
patandal@ asapnet.net | 0001 | MTC-00028613
Patchen, Robin | 0001 | MTC-00022373
Patel, Dhaval | 0001 | MTC-00015593
Patel, Ravi | 0001 | MTC-00007273
Paterson, Ian J. | 0001 | MTC-00033516
Paterson, Murray | 0001 | MTC-00009388
Patil, Ram | 0001 | MTC-00031648
patmackn@ erols.com | 0001 | MTC-00010447
patricia.spaleta@ iz1.com | 0001 | MTC-00014572
Patrick | 0001 | MTC-00001071
Patrick, Bryan E. | 0001 | MTC-00018365
Patrick, Lucille | 0001 | MTC-00010166
Patrick, Stephanie | 0001 | MTC-00030939
Patrum, Frank | 0002 | MTC-00016654
Patterson, Bob and Judy | 0001 | MTC-00009360
Patterson, G. D. | 0001 | MTC-00007256
Patton, Kata | 0001 | MTC-00008373
Pau, Sumit | 0001 | MTC-00008252
Paul | 0002 | MTC-00032366
Paul McKinnie | 0001 | MTC-00019709
Paul, Pam | 0001 | MTC-00000423
Paul, Steven | 0001 | MTC-00025326
Pauls401@ aol.com | 0001 | MTC-00005497
Pavia, Nick and Dorothy | 0001 | MTC-00031859
Pavlicek, Russell | 0001 | MTC-00028690
Pawlenty, Tim | 0001 | MTC-00029811
pcdad@ optonline.net | 0001 | MTC-00021428
pcross@ gcc.com | 0001 | MTC-00016838
Peacock, Charles | 0001 | MTC-00006101
Pearre, Ben | 0001 | MTC-00001359
Pech, David | 0001 | MTC-00032136
Peckinpaugh, Brett | 0001 | MTC-00022036
Pecoro, Christopher | 0001 | MTC-00023963
Pedenko, Connie | 0001 | MTC-00031893
Pedersen, Gunnar | 0001 | MTC-00028815
Peel, Jason | 0001 | MTC-00016936
Peeples, Raymond | 0001 | MTC-00027704
Peffer, Charyl | 0001 | MTC-00009076
Peggy | 0001 | MTC-00008524
Pekirk, Dan | 0001 | MTC-00033348
Peknik, Dan | 0001 | MTC-00023829
Pellow, Lydia | 0001 | MTC-00018510
Pelsor, Chris | 0001 | MTC-00023077
Penna, Randolph | 0001 | MTC-00000243
Pennington, William | 0001 | MTC-00005408
Peoples, John | 0001 | MTC-00012049
Pepper, Brian | 0001 | MTC-00018992
Percy, Michael | 0001 | MTC-00018390
Perdriau, Bob | 0001 | MTC-00002898
Perers, Roger | 0001 | MTC-00029819
Perez, Stephen | 0001 | MTC-00003467
Perez, V. | 0001 | MTC-00000509
Perik, Mike | 0001 | MTC-00018391
Perkins, Christopher | 0001 | MTC-00016712
Perkins, Tony | 0001 | MTC-00016930
Perry, George | 0001 | MTC-00024114
Personette, David | 0001 | MTC-00020603
Perumal, Todd | 0001 | MTC-00021792
Pervez, Nadia | 0001 | MTC-00019775
Pesall, Bob | 0001 | MTC-00017548
Peschko, Edward | 0001 | MTC-00018300
Pete Aven | 0001 | MTC-00019710
Peter | 0001 | MTC-00020636
Peter | 0001 | MTC-00023462
Peter, David | 0001 | MTC-00000240
Peteren, Jeremy | 0001 | MTC-00015348
Peterjohn, Karl | 0001 | MTC-00031631
Petermann, Alfred | 0001 | MTC-00008353
Peters, John | 0002 | MTC-00006320
Peters, Panei | 0001 | MTC-00033415
Petersen, Marvin E. | 0001 | MTC-00026687
Peterson, Bedford | 0001 | MTC-00010382
Peterson, Frank | 0001 | MTC-00033465
Peterson, Gregory | 0001 | MTC-00003444
Peterson, Guy | 0001 | MTC-00020939
Peterson, James | 0001 | MTC-00006193
Peterson, Joan | 0001 | MTC-00005360
Peterson, Ross | 0001 | MTC-00021625
Petit, Ann | 0001 | MTC-00001492
petitjim@ juno.com | 0001 | MTC-00028217
Petrik, Brad | 0001 | MTC-00026994
Petrone, Ray | 0001 | MTC-00006169
Pettus, Paul | 0001 | MTC-00017783
Peyton, Janell | 0001 | MTC-00005786
Pfaff-Harris, Kristina | 0001 | MTC-00017425
pfk | 0001 | MTC-00020641
Phan, David | 0001 | MTC-00000052
phash | 0001 | MTC-00021359
Pheonixl1t | 0001 | MTC-00003247
Phil (os2fan@ gmx.net) | 0001 | MTC-00021747
Phil Pawelcyzk | 0001 | MTC-00019712
Phillips, Christal | 0001 | MTC-00024476
Phillips, Dave | 0001 | MTC-00000708
Phillips, Earl | 0001 | MTC-00031874
Phillips, george | 0001 | MTC-00027710
Phillips, Gordon | 0001 | MTC-00005455
Phillips, Joel | 0001 | MTC-00000797
Phillips, Judah | 0001 | MTC-00026154
Phillips, Lee | 0001 | MTC-00002295
Phipps, James | 0001 | MTC-00024595
Phoenix, Chris | 0001 | MTC-00019669
Photozen | 0001 | MTC-00023554
Phurrough, Dale | 0001 | MTC-00025355
Piascinski, Joseph | 0001 | MTC-00030929
Pickering, Bill | 0002 | MTC-00032382
Pickering, Helen | 0001 | MTC-00029805
Pickert, Brent | 0001 | MTC-00025696
Pickett, Michael and Sally | 0001 | MTC-00033439
Pickington, Charles | 0001 | MTC-00003394
Pickney, Michael | 0001 | MTC-00001906
Pierce, Al | 0001 | MTC-00001294
Pierce, Henry | 0001 | MTC-00000765
Pierce, Jason | 0001 | MTC-00025659
Pierson, Roger A. | 0001 | MTC-00021851
Piland, Gary | 0001 | MTC-00025075
Pillow, John | 0001 | MTC-00023874
Pillows, Tracy | 0001 | MTC-00030842
Pillsbury, D | 0001 | MTC-00024131
Piper, Greg and Chapman, Bruce | 0002 | MTC-00029021
Piper, Peter | 0001 | MTC-00020389
Piper, Warren | 0001 | MTC-00026224
Pipkin, Tracy | 0001 | MTC-00012141
Pippin, Bruce | 0001 | MTC-00029423
Pissocra, Steve | 0001 | MTC-00025655
Pitocco, Carlo | 0001 | MTC-00022726
Pitt, Jonathan | 0001 | MTC-00023427
Pitt, Ken | 0001 | MTC-00025303
Pittman, Delmar and Jean | 0001 | MTC-00026455
Pitts, Larry | 0001 | MTC-00007160
Pkshadow | 0001 | MTC-00023767
Placilla, Tony | 0001 | MTC-00000421
PLanierCom@ aol.com | 0001 | MTC-00000805
Plarkey, Norman | 0001 | MTC-00011263
Platt, Donna | 0001 | MTC-00028505
Platt, George | 0001 | MTC-00029827
Plischke, Gerald | 0001 | MTC-00029244
Plitt, Allen | 0001 | MTC-00029006
Plitt, Geoffrey | 0001 | MTC-00017203
plovie, John | 0001 | MTC-00030261
Plummer, Christopher | 0001 | MTC-00024488
Plunkett, John | 0001 | MTC-00024102
Poh, A. C. | 0001 | MTC-00026221
Poirier, Paul | 0001 | MTC-00022869
Poland, Robert | 0001 | MTC-00002048
Pollard, Chris | 0001 | MTC-00001117
PollyPops9@ aol.com | 0001 | MTC-00009257
Polychroniou, George | 0001 | MTC-00005412
Pomerantz, Paul | 0001 | MTC-00010977
Pomeroy, Lawrence | 0001 | MTC-00009739
Pondel, Tony | 0001 | MTC-00006706
Ponemon, Warren | 0001 | MTC-00014021
Pons, Juan A. | 0001 | MTC-00018618
Pontecorvo, Joe | 0001 | MTC-00000094
Pope, Brenda | 0001 | MTC-00009336
Pope, Ed | 0001 | MTC-00027323
Poplar, James | 0002 | MTC-00018371
Popov, V | 0001 | MTC-00023913
poppopbox@ aol.com | 0001 | MTC-00008320
Porrill, Damon | 0001 | MTC-00031876
Porter, Marcus | 0001 | MTC-00017508
Post, Alan | 0001 | MTC-00016798
Pothier, Donald | 0001 | MTC-00022629
Potochnik, Kim | 0001 | MTC-00014706
Potter, Bob | 0001 | MTC-00005493
Potter, Bob | 0001 | MTC-00021758
Potter, Harold | 0001 | MTC-00008035
Potter, Josh | 0001 | MTC-00031279
Potter, Mike | 0001 | MTC-00000077
Potter, R. W. | 0001 | MTC-00001646
Potts, Tedd | 0001 | MTC-00005005
Poulton, Jim | 0001 | MTC-00032502
Pound, Marc W. | 0001 | MTC-00016503
Powell, Arthur | 0001 | MTC-00006191
Powell, Kent | 0001 | MTC-00022164
Powell, Mary | 0001 | MTC-00009730
Powell, Robert | 0001 | MTC-00001628
Power, Doreen | 0001 | MTC-00006130
Powers, Jonathan | 0001 | MTC-00016589
Prather, Daniel | 0001 | MTC-00000903
Prather, Jerauld S. | 0002 | MTC-00018380
Pratt, Ray D. | 0001 | MTC-00000644
Preacher, Charles | 0001 | MTC-00009706
Preble, Dolores J. | 0001 | MTC-00013282
Presley, Clyde | 0001 | MTC-00031261
Presley, Jim | 0001 | MTC-00011243
Pressman, John and Sylvia | 0001 | MTC-00031284
Preston, Anthony | 0001 | MTC-00020652
Prestopino, Nancy | 0001 | MTC-00009685
Pretchel, Gordon | 0001 | MTC-00024521
Prets, Edward & Carol | 0001 | MTC-00009662
Prevatte, Archie | 0001 | MTC-00023397
Prevots, Claude | 0001 | MTC-00032383
Price, Allen | 0001 | MTC-00027675
Price, Donald | 0001 | MTC-00030689
Price, Joe S. | 0001 | MTC-00026823
Price, Kelly | 0001 | MTC-00018388
Price, Kevin | 0002 | MTC-00024138
Price, Michael | 0001 | MTC-00002871
Price, Ron | 0001 | MTC-00019677
Price, Seth | 0001 | MTC-00018465
Pricer, Edward | 0001 | MTC-00015242
Priftis, Ted | 0001 | MTC-00022301
Primm, Michele | 0001 | MTC-00007430
Prince, Lee | 0001 | MTC-00005431
Proctor, HAP | 0001 | MTC-00017060
Proser, Lamar | 0001 | MTC-00016512
Proudfit, Jean | 0001 | MTC-00025847
Provo, Joe | 0001 | MTC-00022624
Pruitt, Darren | 0001 | MTC-00017532
Pry, Tim | 0001 | MTC-00016397
psyfybre@ netscape.net | 0001 | MTC-00016667
Puffenberger, Kirk | 0001 | MTC-00030584
Pulaski, James | 0001 | MTC-00029403
Pulido, Ruben J. | 0001 | MTC-00002039
Purcell, Jerry | 0001 | MTC-00029564
Purdie, Debbie | 0001 | MTC-00013769
Purl, Scott | 0001 | MTC-00015426
Pursley, Hank | 0001 | MTC-00005387
Puskala, Aapo | 0001 | MTC-00023663
Pvigot, Forde | 0001 | MTC-00024127
pyetka@ pt.alaska.net | 0001 | MTC-00028246
Quackenbos, Robert | 0001 | MTC-00009579
Quigley, John | 0001 | MTC-00022893
Quigley, Ryan | 0001 | MTC-00016562
Quinn, Clark | 0001 | MTC-00025337
Quinn, Jeffrey | 0001 | MTC-00015513
Quinn, Roselma | 0001 | MTC-00007426
Quinn, Roselma L. | 0001 | MTC-00022027
Quinn, Stephen | 0001 | MTC-00011534
Quinn, Stephen | 0001 | MTC-00011587
Quinn, Stephen | 0001 | MTC-00031252
Quirk, Anna | 0001 | MTC-00027690
Quirk, John | 0001 | MTC-00027668
R., Jason | 0001 | MTC-00015816
Raad, Fahed | 0001 | MTC-00033859
Raatgerink, Bort | 0001 | MTC-00015033
Rabel, Paula and Bob | 0001 | MTC-00008619
Rabinowitz, David | 0001 | MTC-00006195
rabolduc@ capecod.net | 0001 | MTC-00014668
Rachiten, Don | 0001 | MTC-00030548
Rackers, Richard L. | 0001 | MTC-00031585
Radak, William | 0001 | MTC-00014279
Raddie, M | 0001 | MTC-00009744
Rademacher, N. M. | 0001 | MTC-00012525
Rademaker, Garth | 0001 | MTC-00016693
Ragan, Regina | 0002 | MTC-00013722
Rahl, Don | 0001 | MTC-00022640
Raisler, Gordon | 0001 | MTC-00027522
ralphtheraccoon | 0001 | MTC-00018387
Ralzlaff, Nell | 0001 | MTC-00001295
Ram, Tej | 0001 | MTC-00030270
Ramamurthy, Nancy | 0001 | MTC-00001937
Ramier, Don | 0002 | MTC-00024453
Ramona Matthews | 0001 | MTC-00019719
Ramos, G. | 0001 | MTC-00001745
Ramsay, Anders | 0001 | MTC-00024149
Ramsey, David | 0001 | MTC-00021158
Ramsey, Derek | 0001 | MTC-00018127
Ramsey, William M. | 0001 | MTC-00002875
Randall, Ann | 0001 | MTC-00026373
Randall, Clayton | 0001 | MTC-00019783
Randall, John | 0001 | MTC-00005346
Randeth, Giacoma | 0001 | MTC-00001057
Randrup, Dorothy G. | 0001 | MTC-00008586
Rands, Gary and Marilyn | 0001 | MTC-00021729
Raph | 0001 | MTC-00000171
Rastly, Angela | 0001 | MTC-00027187
Ratti, Dean and Urs | 0001 | MTC-00008664
Rattner, Bob | 0001 | MTC-00000203
Rattner, John | 0001 | MTC-00000263
Raudunda, Mariam | 0002 | MTC-00027391
Rausch, Mike | 0001 | MTC-00005821
Rauschenberger, Jon | 0001 | MTC-00020964
Rauschkolb, Mark | 0001 | MTC-00015528
Rausher, Mark | 0001 | MTC-00000180
Ravi | 0001 | MTC-00025293
Ravitz, Evan | 0002 | MTC-00026791
Ray | 0001 | MTC-00000959
Ray, Brian | 0001 | MTC-00024634
Ray, Chris | 0001 | MTC-00001530
Ray, Jeff | 0001 | MTC-00031614
Ray, Lindsay | 0001 | MTC-00033564
Ray, Lindsay | 0001 | MTC-00027510
Ray, Stephen | 0001 | MTC-00000206
Ray2001@ aol.com | 0001 | MTC-00005533
ray@ greeble.com | 0001 | MTC-00024567
raygps@ cs.com | 0001 | MTC-00028221
rayh1933@ aol.com | 0001 | MTC-00025184
Raymer, Daniel | 0001 | MTC-00012793
Raymond, Tom | 0001 | MTC-00018620
raynes@ charter.net | 0001 | MTC-00014519
rbayuga@ hotmail.com | 0001 | MTC-00021416
RBinzley@ aol.com | 0001 | MTC-00007058
rbrooks@ amaesd—net.com | 0001 | MTC-00028065
RC | 0001 | MTC-00023830
rdh@ amazonline.com | 0001 | MTC-00014669
rdo@ community.net | 0001 | MTC-00028624
Rea, Jerry | 0001 | MTC-00033665
Read, Juan | 0001 | MTC-00026382
Readout, Clifford | 0001 | MTC-00023398
Reaume, Ray | 0001 | MTC-00005456
Rebard | 0001 | MTC-00001259
Rebovich, George | 0001 | MTC-00024162
Reddick, Mary Jo | 0001 | MTC-00032418
Redfern, Bob | 0001 | MTC-00027094
Redgrave, John | 0001 | MTC-00008362
REdovtey, Brian | 0001 | MTC-00019226
Redsoccerdevill | 0001 | MTC-00025421
Reece, Anne | 0001 | MTC-00023399
Reed, Doug | 0001 | MTC-00023577
Reed, Mark | 0001 | MTC-00005422
Reed, Richard | 0001 | MTC-00015824
Reeder, Ralph | 0001 | MTC-00012789
Rees, Allan | 0001 | MTC-00023518
Rees, David | 0001 | MTC-00022735
Rees, Matthew | 0001 | MTC-00017867
Regan, Kevin | 0001 | MTC-00005527
Regina, Joseph | 0001 | MTC-00003948
Rehg, Larry | 0001 | MTC-00007910
Rehorka, Gary | 0001 | MTC-00001194
Reich, Larry | 0001 | MTC-00009280
Reichen, Rheboris and Lloyd | 0001 | MTC-00026472
Reid, Jeanette Miles | 0001 | MTC-00011440
Reid, John | 0002 | MTC-00030268
Reid, Ray | 0001 | MTC-00005308
Reid, Ray | 0001 | MTC-00003547
Reid, Ray | 0001 | MTC-00022393
Reigle, Brian | 0001 | MTC-00022573
Reilly, Andrew | 0001 | MTC-00021628
Reilly, Paul M. | 0001 | MTC-00002867
Reinemer, Walter M. | 0001 | MTC-00002993
Reingehl, Barbara | 0001 | MTC-00008180
Reisler, Marty | 0006 | MTC-00032325
Reist | 0001 | MTC-00028071
Reitmeier, Vera | 0001 | MTC-00011449
Reitz, Leslie | 0001 | MTC-00022197
Rejzek, Jim | 0001 | MTC-00006570
REKLAWCR@ aol.com | 0001 | MTC-00026151
Relford, Carl | 0001 | MTC-00021701
Renforth, Howard F. | 0001 | MTC-00008052
Reolon, Reto | 0001 | MTC-00018604
Repman, Lloyd | 0001 | MTC-00026367
Requenes, Max | 0001 | MTC-00015546
Reseinleiter, Harry | 0001 | MTC-00000072
Resler, John | 0001 | MTC-00021474
Ressler, James | 0001 | MTC-00000162
Reuter, A. | 0001 | MTC-00023616
reuter, Brian | 0001 | MTC-00018861
Revnyak, Adelaide | 0001 | MTC-00030676
Rey, Curtis | 0001 | MTC-00017900
Reynolds, James | 0001 | MTC-00001188
rflor@ scisyscomputergroup.com | 0001 | MTC-00013821
RGreen2829@ aol.com | 0001 | MTC-00012761
RGrub@ aol.com | 0001 | MTC-00009108
Rhein, John | 0001 | MTC-00021176
rheining@ rochester.rr.com | 0001 | MTC-00025835
Rhinehardt, Peter K. | 0001 | MTC-00002127
Rhodes, Ronald | 0002 | MTC-00011384
Rhodes, Vaughn | 0003 | MTC-00028674
Riav, S. Ben | 0002 | MTC-00032394
ricardo—wehger@ hotmail.com | 0001 | MTC-00010330
Rice, Howard | 0001 | MTC-00022388
Rich | 0001 | MTC-00010181
rich.cech@ home.com | 0001 | MTC-00021407
Richard | 0001 | MTC-00011460
Richards, Beth Ann | 0001 | MTC-00020377
Richards, Nicholas | 0001 | MTC-00018642
Richards, Steve | 0001 | MTC-00019765
Richardson | 0001 | MTC-00025718
Richardson, David | 0001 | MTC-00022295
Richardson, David M. | 0001 | MTC-00006024
Richardson, William | 0001 | MTC-00016672
richardvi2000@ aol.com | 0001 | MTC-00014319
Richmond, Jason | 0001 | MTC-00015604
Rickard, Denise | 0001 | MTC-00006102
Riddle, Doug | 0001 | MTC-00028653
Ridgeway, Curt | 0001 | MTC-00027184
Riebe, Steve | 0001 | MTC-00027325
Riechert, Brian | 0001 | MTC-00015785
Riendeau, Patricia | 0002 | MTC-00025041
Rietmann, Ricky L. | 0001 | MTC-00014617
Rigsbee, Jason L. | 0002 | MTC-00029636
Riley, Erin | 0001 | MTC-00016801
Riley, J. David | 0001 | MTC-00026652
Riley, Sean | 0001 | MTC-00017604
Rimes, Eric | 0001 | MTC-00031552
Rimicci, Steve | 0001 | MTC-00000500
Rimovsky, Tony | 0001 | MTC-00015571
Rinehart, Peter | 0001 | MTC-00023810
Ringer, Craig | 0002 | MTC-00000967
Ringer, Eric | 0001 | MTC-00014076
Rinker, Bill | 0001 | MTC-00033280
Ripatton@ aol.com | 0001 | MTC-00005859
Riss, Eric | 0001 | MTC-00007235
Ritter, Dan | 0001 | MTC-00018383
Riva, Virginia | 0003 | MTC-00030658
Rivera, Gayle | 0001 | MTC-00005949
Rizzo, Joe | 0001 | MTC-00015274
rjy@ mcsi.net | 0001 | MTC-00010462
rkasting@ dsscorp.com | 0003 | MTC-00003226
rklein8198@ aol.com | 0001 | MTC-00008042
RLopez9153@ aol.com | 0001 | MTC-00008986
RMKM8818@ aol.com | 0001 | MTC-00006200
rmkm8818@ aol.com | 0001 | MTC-00021235
Roach, Robert D. | 0001 | MTC-00027935
Roahrig, Jerry | 0001 | MTC-00020384
Roathe, Lane | 0001 | MTC-00002101
Robbins, Effie | 0001 | MTC-00027073
robert@ sherwing.com | 0001 | MTC-00014653
Roberts, Calvin | 0002 | MTC-00030283
Roberts, Charles | 0001 | MTC-00005713
Roberts, James | 0001 | MTC-00022697
Roberts, Jeff | 0001 | MTC-00020353
Roberts, Jeff | 0001 | MTC-00023860
Roberts, Jerry and Milfred | 0001 | MTC-00028287
Roberts, John | 0001 | MTC-00000176
Roberts, Jon | 0003 | MTC-00002171
Roberts, Robert D. | 0001 | MTC-00004163
Roberts, Ryan | 0002 | MTC-00000936
Roberts, Sherry | 0001 | MTC-00009716
Robertson, Pandova | 0001 | MTC-00018589
Robertson, Robert | 0001 | MTC-00005311
Robertson, Ron | 0001 | MTC-00024631
robertsw@ mindspring.com | 0001 | MTC-00028232
Robillard, Phyllis | 0001 | MTC-00031606
Robillard, Phyllis | 0001 | MTC-00031607
Robin | 0001 | MTC-00000803
robinpur@ hotmail.com | 0001 | MTC-00028589
Robinson, Bill | 0001 | MTC-00022305
Robinson, David | 0001 | MTC-00024474
Robinson, David | 0001 | MTC-00028685
Robinson, David | 0001 | MTC-00026093
Robinson, Edward | 0002 | MTC-00020613
Robinson, Gene | 0001 | MTC-00006150
Robinson, Jerry | 0001 | MTC-00005571
Robinson, Jerry | 0001 | MTC-00025746
Robinson, Lucian | 0001 | MTC-00007222
Robinson, Mark | 0001 | MTC-00000695
Roca, Vincent | 0001 | MTC-00002014
Rocco, Caffarella | 0002 | MTC-00026778
Rochester, Joshua | 0001 | MTC-00019344
Rocheville, Jon and Julie | 0001 | MTC-00028467
rockett@ dallas.net | 0001 | MTC-00011421
Roerich, Ryan | 0001 | MTC-00015505
Roesel, Albert | 0002 | MTC-00029836
Rogers, Bertram | 0001 | MTC-00029338
Rogers, Haden | 0001 | MTC-00026631
Rogers, James | 0001 | MTC-00000924
Rogers, Ray | 0001 | MTC-00010905
Rogers, Valerie | 0001 | MTC-00029326
Rogoff, Myrna | 0001 | MTC-00028509
Rogovin, Bruce | 0001 | MTC-00001177
rogowski@ pacifier.com | 0001 | MTC-00028593
Rohde, Bernard | 0001 | MTC-00006178
Rohrer, Eugene | 0001 | MTC-00022883
Rohrer, Stephen | 0001 | MTC-00003336
Roitt, Dennis | 0001 | MTC-00020798
Roland, Bill | 0001 | MTC-00005534
Rolbvink, James | 0002 | MTC-00001352
Roman, Michael | 0001 | MTC-00022359
Romer, Edward | 0001 | MTC-00001078
Romer, Evan | 0001 | MTC-00022963
Rommey, Steven | 0001 | MTC-00020792
Romo, Arne | 0001 | MTC-00017414
Ron | 0001 | MTC-00000781
Ronne, Jeff | 0001 | MTC-00006097
Root, James W. | 0001 | MTC-00012698
root@ solarflow.dyadus.org | 0001 | MTC-00023561
root@ usdoj.gov | 0001 | MTC-00001595
root@ wt4.usdoj.gov | 0002 | MTC-00000209
root@ wt6.usdoj.gov | 0002 | MTC-00000290
root@ wt6.usdoj.gov | 0002 | MTC-00000301
root@ wt6.usdoj.gov | 0003 | MTC-00001067
Root@ wth.ysdoj.gov | 0002 | MTC-00000221
Rosas, Reinaldo | 0002 | MTC-00030907
Rose, Dave | 0001 | MTC-00022430
Rose, Earl | 0001 | MTC-00023060
Rose, Glenn | 0001 | MTC-00021459
Rosen, Myor | 0001 | MTC-00030660
Rosenberg, Gerald | 0001 | MTC-00030919
Rosenthal, Joe | 0001 | MTC-00006139
Ross, Elaine | 0001 | MTC-00030803
Ross, L.H. | 0001 | MTC-00009321
Ross, Shirley | 0001 | MTC-00011791
Ross, Steve | 0001 | MTC-00005454
Ross, William | 0001 | MTC-00007013
Rossetto, Claudio | 0001 | MTC-00013742
Rossi, Adam | 0001 | MTC-00021508
Rotblat, Cindy | 0001 | MTC-00007465
Roth, John | 0001 | MTC-00025533
Rothera, Charles | 0001 | MTC-00007175
Rothera, Charles | 0001 | MTC-00007179
Rothert, Doug | 0002 | MTC-00027427
Rothstein, Ann | 0001 | MTC-00030556
Rotstan, Neil | 0002 | MTC-00017441
Rouse, Edward | 0001 | MTC-00022051
Roussel, Camille | 0001 | MTC-00019604
Rousso, Nora | 0001 | MTC-00023619
Rout, Allen | 0001 | MTC-00015223
Rowan, Ken | 0001 | MTC-00020294
Rowe, Jerry | 0001 | MTC-00023805
Rowland, Matt | 0002 | MTC-00017186
Rowland, Shari | 0001 | MTC-00030264
Rowley, Dianne | 0001 | MTC-00024104
Roxton, Robb | 0001 | MTC-00001388
Roy, Greg | 0001 | MTC-00016597
Roy, Phillipe | 0001 | MTC-00001417
Royalty, Philip | 0001 | MTC-00005433
Royalty, Reed L. | 0002 | MTC-00031647
royerfe@ juno.com | 0001 | MTC-00026671
Roys, Cary | 0001 | MTC-00017071
ROZJER | 0001 | MTC-00006848
rppvlp@ aol.com | 0001 | MTC-00008046
RRPG3@ msn.com | 0001 | MTC-00021941
rrshouse@ hotmail.com | 0001 | MTC-00010387
rscully@ bellsouth.net | 0001 | MTC-00028074
rtanner@ quannon.com | 0001 | MTC-00014570
Rubain, Sesil | 0001 | MTC-00030564
Rubenstein, Stan | 0001 | MTC-00026355
Rubin, Herb | 0001 | MTC-00002851
Rubin, Phillip | 0001 | MTC-00005763
Rubin, Richard | 0002 | MTC-00030909
Rubino, Jim | 0001 | MTC-00005641
Rucker, Lovelace | 0001 | MTC-00007979
Rudakevych, Paulo | 0001 | MTC-00016742
Rudden, Brian | 0001 | MTC-00017087
Ruddy, Bob | 0001 | MTC-00018672
Rudetsky, Gloria | 0001 | MTC-00007377
Rudolph, Gerald | 0001 | MTC-00015129
Rue, Walter S. | 0001 | MTC-00002018
Ruggiero, Chris | 0001 | MTC-00001445
Ruggles, Tracy S. | 0001 | MTC-00016437
Rumpakis, John | 0001 | MTC-00005450
Runquist, Eric | 0001 | MTC-00000524
Rupp, Tracy | 0001 | MTC-00023363
Russell, Bob | 0001 | MTC-00010438
Russell, Charles | 0001 | MTC-00031811
Russell, Ed | 0002 | MTC-00030910
Russell, Lois | 0001 | MTC-00027190
Russell, Phil | 0002 | MTC-00001286
Russell, Seth A. | 0001 | MTC-00020044
Russo, Ben | 0001 | MTC-00018693
Rust, Ted | 0001 | MTC-00001463
Rutherford, Andrew | 0001 | MTC-00022307
Rutherford, Ron | 0001 | MTC-00004411
Rutherford, Ronald | 0001 | MTC-00001461
Rutledge, Len | 0001 | MTC-00008942
Rwy2400@ aol.com | 0001 | MTC-00013279
Ryan | 0001 | MTC-00018633
Ryan, John | 0001 | MTC-00031299
Ryan, Sue | 0001 | MTC-00009715
Ryan, Thor | 0001 | MTC-00019153
Rybarski, Michael | 0001 | MTC-00018399
Rybinski, John | 0001 | MTC-00030226
Rydell, Paul | 0001 | MTC-00015734
Saari, Theodore | 0002 | MTC-00009743
Saba, Maher | 0001 | MTC-00021922
Sabrin, Joe | 0002 | MTC-00030661
Sadler, Brian | 0001 | MTC-00000583
Sadlo, Frank | 0001 | MTC-00023611
Saint, James | 0001 | MTC-00021491
Saist | 0001 | MTC-00020062
sal@ metronet.lib.mi.us | 0001 | MTC-00014539
Salani, Steve | 0002 | MTC-00002165
Salem, Krimo | 0001 | MTC-00021717
Salem, Lou | 0001 | MTC-00006159
Sall, David L. | 0001 | MTC-00022550
Salmon, Jeremy | 0001 | MTC-00022320
Salnick, R. W. | 0001 | MTC-00015936
Salwen, Harvey I. | 0002 | MTC-00009810
Salz, Rich | 0001 | MTC-00017100
Salzman, Rob | 0001 | MTC-00018739
Sam | 0001 | MTC-00021363
Sammons, Bob | 0001 | MTC-00007865
Sammons, Nate | 0001 | MTC-00018295
Sanasdy, Cornell | 0001 | MTC-00032413
Sandberg, Martin | 0001 | MTC-00001487
Sanders, David | 0001 | MTC-00007166
Sanders, Geoffrey | 0001 | MTC-00017359
Sanders, Richard H. | 0001 | MTC-00028876
Sandgathe, Sharon | 0001 | MTC-00021184
Sandova, Joseph A. | 0001 | MTC-00026738
Sandsmark, James and Ivy | 0001 | MTC-00012715
Sangsupan, ha Thai | 0001 | MTC-00028948
Santa Cruz, Fedenco, B. | 0001 | MTC-00031363
santagrbiv@ aol.com | 0001 | MTC-00000968
Santellanes, Carlos | 0001 | MTC-00023831
Santillie, R. E. | 0001 | MTC-00006540
Santin, David | 0002 | MTC-00019469
Santone, John | 0001 | MTC-00031649
Santore, Robert | 0002 | MTC-00029046
Santos, Danny Delos | 0001 | MTC-00033384
Santos, Gani Delos | 0001 | MTC-00033379
Santos, Gregory | 0001 | MTC-00001288
Santos, Justin Delos | 0001 | MTC-00033382
Sapienza, Joseph | 0001 | MTC-00007158
Sapp, Earl | 0001 | MTC-00030673
Sappington, Bill | 0001 | MTC-00000242
Sarah L.E. Unisicker | 0001 | MTC-00019721
Sargent, Ron | 0001 | MTC-00007173
Sargent, Sally | 0002 | MTC-00005401
Sarna, Swasti | 0001 | MTC-00033525
Satpute, Raj | 0001 | MTC-00029316
Saul, Jim | 0001 | MTC-00001130
Saul, Richard | 0001 | MTC-00007152
Sauls, Hank | 0001 | MTC-00005273
Saulsberry, Arthur | 0001 | MTC-00026364
Saulsbury, James | 0001 | MTC-00020375
Saunders, Colin | 0003 | MTC-00023811
Saunders, Robert | 0001 | MTC-00030164
Sautellanes, Carlos | 0001 | MTC-00033349
Savchenko, Ed | 0001 | MTC-00011681
Saville, James | 0001 | MTC-00000770
Saward, Mark | 0001 | MTC-00016528
Sawicki, Ed | 0001 | MTC-00024636
Sawicki, Ed | 0001 | MTC-00000047
Sawyer, Judy | 0001 | MTC-00020804
Sawyer, Kristine | 0001 | MTC-00023649
sbrod@ snip.net | 0001 | MTC-00014599
Scaffido, Leonard | 0001 | MTC-00000238
Scally, Jonathan | 0001 | MTC-00002881
Scammon, Christine | 0001 | MTC-00027727
Scarpetta, Jim | 0001 | MTC-00002324
Scaturo, Victor | 0001 | MTC-00022371
Schaaf, Charles | 0001 | MTC-00029825
Schabert, Peder and N. | 0001 | MTC-00030503
Schaefer, Rich | 0003 | MTC-00000039
Schafer, Alice | 0001 | MTC-00025728
Schall, Neel | 0001 | MTC-00022983
Schan, Andre | 0001 | MTC-00028459
Schaper, Don | 0001 | MTC-00023618
Schary, Martha | 0001 | MTC-00030567
Schaub, David | 0001 | MTC-00010899
Scheid, B.J. | 0001 | MTC-00033493
Scheil, James | 0001 | MTC-00006567
Schenk, Melinda | 0001 | MTC-00024302
Schick, David | 0001 | MTC-00019498
Schlegel, Elizabeth | 0001 | MTC-00013861
Schlenker, Ethan | 0001 | MTC-00016659
Schloeder, Don Karen | 0001 | MTC-00020032
Schlosser, Margarite | 0003 | MTC-00032551
Schmidt, Adam | 0001 | MTC-00025066
Schmidt, Paul | 0001 | MTC-00006739
Schmidt, Scott | 0001 | MTC-00017584
Schmidt, Walter | 0002 | MTC-00033514
Schneider, Richard | 0001 | MTC-00001236
Schneider, Zacahry | 0001 | MTC-00015212
Schnolis, R. Duke | 0001 | MTC-00020773
Schoeder, Russell | 0001 | MTC-00002860
Schoen, Erica | 0001 | MTC-00031057
Schoenherr, Bill | 0001 | MTC-00030917
Schofield, Jack | 0001 | MTC-00031253
Schorsh | 0001 | MTC-00026400
Schott, Steve | 0002 | MTC-00021911
Schram, Jeffrey | 0001 | MTC-00030809
Schreier, Kevin | 0002 | MTC-00021050
Schroeder, John | 0001 | MTC-00001134
Schroepfer, Art | 0001 | MTC-00001606
Schrum, Georgia | 0001 | MTC-00031754
Schuldt, Steven | 0001 | MTC-00015845
Schultski, Edward | 0001 | MTC-00022871
Schultz, John | 0001 | MTC-00001655
Schultz, Loris | 0001 | MTC-00024143
Schultz, Matt | 0002 | MTC-00001938
Schumacher, Kevin | 0003 | MTC-00029406
Schuman, Leo | 0001 | MTC-00022065
Schuster, Charles A. | 0001 | MTC-00013416
Schwab, David | 0003 | MTC-00001491
Schwager, Pauline | 0001 | MTC-00030297
Schwalb, Robert | 0001 | MTC-00001293
Schwartz, Eddie | 0001 | MTC-00028738
Schwartz, Joseph L. | 0001 | MTC-00029196
Schwartz, Lane | 0002 | MTC-00025812
Schwartz, Mirriam | 0001 | MTC-00031917
Schweinsburg, Scott | 0001 | MTC-00024121
Schwele, Tim | 0002 | MTC-00007958
Schwenk, Peter | 0001 | MTC-00021062
Schzer, Daniel | 0001 | MTC-00021451
Scifihead@ yahoo.com | 0001 | MTC-00019306
Scoff, Tim | 0001 | MTC-00020680
Scoggins, Jumana | 0001 | MTC-00025381
Scott, Beth | 0001 | MTC-00005542
Scott, Bill | 0001 | MTC-00000091
Scott, Frank | 0001 | MTC-00006163
Scott, Gregory | 0001 | MTC-00002022
Scott, Jane | 0001 | MTC-00025324
Scott, John | 0001 | MTC-00000711
Scott, Samuel | 0001 | MTC-00000227
Scott, Steven G. | 0001 | MTC-00002746
Scrivner, Steve | 0001 | MTC-00015822
ScubaNark@ aol.com | 0001 | MTC-00006411
Seager, Chris | 0001 | MTC-00018962
Seale, Christopher | 0001 | MTC-00029821
Seals, Pam | 0001 | MTC-00016302
Sears, Russell | 0001 | MTC-00019327
Sears, William | 0001 | MTC-00023375
Sebastian, Karl | 0002 | MTC-00026396
Sebastian, Sennory | 0001 | MTC-00015325
Sebright, Shirley | 0002 | MTC-00030574
Secret, David | 0001 | MTC-00031855
Sedgwick, Glenn W. | 0001 | MTC-00013354
segavia@ fxz.com | 0001 | MTC-00014505
Seiferas, Joel | 0001 | MTC-00019400
Seiler, Randall | 0001 | MTC-00030251
Seitao, Michael | 0001 | MTC-00001266
Selby, John | 0001 | MTC-00031828
Selekman, Aryeh | 0001 | MTC-00023690
Sellers, Marcus | 0001 | MTC-00021647
Seltzer, Larry | 0001 | MTC-00000775
Seltzer, Larry | 0001 | MTC-00006198
Seltzer, Tim | 0001 | MTC-00021716
Semple, Tim | 0001 | MTC-00008521
Sendlakowski, Mike | 0001 | MTC-00022910
Senour, Alethea | 0001 | MTC-00018248
Sergeant, Bruce | 0001 | MTC-00020951
Sergeant, Bruce | 0001 | MTC-00020961
Sergel, Carolyn | 0001 | MTC-00029817
Serrano, Alberto | 0001 | MTC-00007782
Sessoms, Mack | 0001 | MTC-00003821
Seth, Johanna | 0001 | MTC-00011571
Settenrich, Brandon | 0001 | MTC-00026390
Setzer, Mitchell | 0002 | MTC-00031794
Sev | 0001 | MTC-00024711
Sevelius, Gunner | 0001 | MTC-00030836
Sewell, Guy | 0001 | MTC-00033336
Sewell, Guy | 0001 | MTC-00023812
Sewerson, Hurst | 0001 | MTC-00030282
Sexton, Orbin M. | 0001 | MTC-00026676
Seymour, Betty | 0001 | MTC-00005539
Shackelford, Alan | 0001 | MTC-00026755
Shackelford, Ken | 0001 | MTC-00002972
Shadley, Mark | 0001 | MTC-00000946
Shaeffenevy@ aol.com | 0001 | MTC-00014657
Shaeffer, Kirk | 0001 | MTC-00005317
Shaffer, Michael | 0001 | MTC-00016940
Shafto, Eric | 0001 | MTC-00015290
Shafto, Neal | 0001 | MTC-00005353
Shaner, David | 0001 | MTC-00025067
Shankar, Ganesh | 0001 | MTC-00021185
Shanklin, Heidi | 0001 | MTC-00015000
Shannon, C. Vance | 0002 | MTC-00018167
Shannon, Sharlene | 0001 | MTC-00026315
Shapiro, Abe | 0001 | MTC-00008412
Shapiro, Charles | 0001 | MTC-00021498
Shapiro, Cheryl | 0002 | MTC-00008796
Sharmugam, Karthik | 0001 | MTC-00010812
SharonTOmg@ aol.com | 0001 | MTC-00007469
Sharp, Robert | 0001 | MTC-00020271
Sharpe, Wesley and Lynn | 0001 | MTC-00028657
Sharpee, Jason | 0001 | MTC-00018418
Shau, Jasper | 0001 | MTC-00029428
Shaw, Derek | 0001 | MTC-00022312
Shaw, Michael | 0002 | MTC-00028567
Shawnlab@ microsoft.com | 0001 | MTC-00005379
Shaynak, Craig | 0002 | MTC-00025096
Shea, Timothy | 0002 | MTC-00020018
Shearer, Doris & Burt | 0001 | MTC-00008383
Shearer, Grant | 0001 | MTC-00020752
Sheehan, Joseph | 0001 | MTC-00022189
Sheehy, Mike | 0001 | MTC-00021490
Sheenada | 0001 | MTC-00000738
Sheffer, Stuart | 0001 | MTC-00003329
Shefrin, Sanfrid | 0001 | MTC-00009318
sheila.a1travel@ wspan.com | 0001 | MTC-00014549
Shelby, Harold | 0001 | MTC-00026849
Sheldon, Steve | 0001 | MTC-00000544
shell.net.nzadmin | 0001 | MTC-00025227
Sheller, Tom | 0002 | MTC-00008836
Shelton, Terrence E. | 0001 | MTC-00004515
Shen, Mary Euyang | 0002 | MTC-00005173
Shephard, Eric | 0001 | MTC-00001353
Sheppard, John | 0001 | MTC-00022539
Sher, Brett | 0001 | MTC-00001256
Sheridan, Flash | 0001 | MTC-00026368
Sherman, Betty | 0001 | MTC-00006138
Sherman, Bill | 0001 | MTC-00009294
Sherman, Roger | 0001 | MTC-00028865
Sheron, Ed | 0001 | MTC-00001369
Sherwood, Clayton | 0001 | MTC-00005251
Shikli, Peter | 0003 | MTC-00005240
Shilcany, Joseph M. | 0001 | MTC-00007824
Shimkus, Stanley J. | 0001 | MTC-00008809
Shinn, Phil | 0001 | MTC-00014650
Shipley, William | 0001 | MTC-00002268
Shipp, Bryan D. | 0003 | MTC-00029511
Shirk, Brian | 0001 | MTC-00017863
Shirk, Loren | 0001 | MTC-00025370
Shirley, Robert | 0001 | MTC-00012610
Shock, Brian | 0001 | MTC-00000918
Shockey, Bill | 0001 | MTC-00023814
Shockley, Steve | 0001 | MTC-00028488
Shoemaker, Dick | 0001 | MTC-00022625
Shoeman, Stanley | 0002 | MTC-00011700
Shofstall, James | 0001 | MTC-00020395
Shomphe, Matt | 0001 | MTC-00002159
Shoner, Joel | 0001 | MTC-00002122
Short, Robert | 0001 | MTC-00025810
Shotts, William | 0001 | MTC-00025845
Shouery, Marwan | 0001 | MTC-00005448
Showalter, Bradley | 0001 | MTC-00016298
Shown, Dan | 0001 | MTC-00019209
Shreve, Ted | 0001 | MTC-00009178
Shuey, edward | 0001 | MTC-00030160
Shultz, David | 0002 | MTC-00017896
Shupp, Mike | 0001 | MTC-00018259
Shuster, Andrew | 0001 | MTC-00000096
Shuster, Glenn | 0001 | MTC-00024558
Sicann@ attbi.com | 0001 | MTC-00014663
Sickel, Jeff | 0001 | MTC-00019463
Sidler, Paul | 0001 | MTC-00010384
Siedlecki, Mark A. | 0002 | MTC-00000064
Siegmann, Joseph M. | 0001 | MTC-00016360
Siekel, Mike | 0001 | MTC-00025932
Sielaff, Steve | 0001 | MTC-00020612
Sievers, George | 0001 | MTC-00001318
Sifnotis, Chris | 0001 | MTC-00026380
Sightsaver@ aol.com | 0001 | MTC-00028997
Sigle, Tracey | 0001 | MTC-00009660
Sigman, Linda | 0001 | MTC-00008013
Silberstein, Nick | 0001 | MTC-00018386
Silva, Ed | 0001 | MTC-00017073
Silva, Mike | 0001 | MTC-00033110
Silver, Joshua | 0001 | MTC-00019118
SIlvert, Sam | 0001 | MTC-00015929
Silvestre, Alina G. | 0002 | MTC-00006262
Silvis, Don | 0001 | MTC-00015360
Simke, Jack | 0002 | MTC-00030666
Simms, Mark | 0001 | MTC-00001004
Simon, Aram | 0001 | MTC-00021537
Simon, Darrell | 0003 | MTC-00025816
Simon, Josh | 0001 | MTC-00015690
Simonds, Nicolas | 0001 | MTC-00017080
Simonds, Wes | 0001 | MTC-00001278
Simons, James Edward | 0001 | MTC-00025772
Simpson, Allie | 0001 | MTC-00009979
Simpson, Tom | 0001 | MTC-00027326
Sims, Brian | 0001 | MTC-00031854
Singer, Paulette | 0001 | MTC-00025437
Singer, Steve | 0001 | MTC-00029019
Singh, Rohit | 0001 | MTC-00019759
Singh, Rottit | 0001 | MTC-00019778
Singh, Suji | 0001 | MTC-00005237
Sirvatka, W. E. | 0001 | MTC-00006110
Sisolak, Andrew | 0001 | MTC-00008607
Sitton, Wayne | 0001 | MTC-00001901
Sivasailam, Natarajan | 0001 | MTC-00000178
Skakle, Sybil | 0001 | MTC-00025310
Skarstrom, Alerik W. | 0001 | MTC-00020005
Skeeling@ nedcheek.net | 0001 | MTC-00014667
skeeling@ redrreek.et | 0001 | MTC-00024296
Skele, Kermit | 0001 | MTC-00031275
Skeppstrom, Richard | 0001 | MTC-00033475
Skibba, Roberta | 0001 | MTC-00025323
Skinner, Jim | 0001 | MTC-00020716
Skipper, Anthony | 0001 | MTC-00017056
Skorvoski, Frank | 0001 | MTC-00015221
Slagel, Garret | 0001 | MTC-00025521
Slagle, Grant | 0001 | MTC-00025525
Slason, Jessica | 0001 | MTC-00019426
Slater, John | 0001 | MTC-00020677
Slayton, Gregory | 0001 | MTC-00013411
Slayton, Marina | 0001 | MTC-00010620
Slayton, Marshall | 0001 | MTC-00024106
Slettenhaar, Henri | 0001 | MTC-00022171
Slomka, John | 0001 | MTC-00023821
Slotscraps@ aol.com | 0001 | MTC-00009595
Sloyer, David | 0001 | MTC-00003343
Small, John | 0001 | MTC-00019317
Small, Vincent | 0001 | MTC-00005411
Smarsh, Tom | 0001 | MTC-00005524
Smidt, V. Anne | 0001 | MTC-00032377
smiller@ tulsa.net | 0001 | MTC-00014579
Smiroldo, Stephan | 0001 | MTC-00001504
Smith, Alison, N. | 0001 | MTC-00024735
Smith, Ann | 0001 | MTC-00028808
Smith, Audrey | 0001 | MTC-00008074
Smith, Brad | 0002 | MTC-00026397
Smith, Brad | 0001 | MTC-00009300
Smith, Brad | 0001 | MTC-00015389
Smith, Brad | 0001 | MTC-00023377
Smith, Brian | 0001 | MTC-00013435
Smith, Brian | 0001 | MTC-00001642
Smith, Chris | 0001 | MTC-00023567
Smith, Connor | 0001 | MTC-00021879
Smith, Craig | 0001 | MTC-00021494
Smith, Crystal | 0001 | MTC-00024313
Smith, Crystal | 0001 | MTC-00031890
Smith, Daniel | 0001 | MTC-00022324
Smith, David | 0001 | MTC-00016949
Smith, David | 0001 | MTC-00018339
Smith, Eric | 0001 | MTC-00003458
Smith, Eric J. | 0002 | MTC-00015382
Smith, Erik | 0001 | MTC-00020777
Smith, Franklin | 0001 | MTC-00021513
Smith, George | 0001 | MTC-00016665
Smith, Gordon | 0001 | MTC-00022091
Smith, Gregory | 0001 | MTC-00000799
Smith, James | 0001 | MTC-00030566
Smith, James and WIllie | 0001 | MTC-00027061
Smith, Jay | 0002 | MTC-00003420
Smith, Jerry | 0001 | MTC-00002895
Smith, Jim | 0001 | MTC-00021637
Smith, Jim | 0001 | MTC-00021947
Smith, Ken | 0001 | MTC-00012614
Smith, Ken | 0001 | MTC-00019780
Smith, Kevin | 0001 | MTC-00019672
Smith, Lance | 0001 | MTC-00023804
Smith, Lee C. | 0001 | MTC-00024388
Smith, Mike | 0001 | MTC-00025484
Smith, Norman | 0001 | MTC-00020669
Smith, Pete | 0001 | MTC-00019756
Smith, Peter | 0001 | MTC-00017591
Smith, Renee | 0001 | MTC-00011273
Smith, Robert | 0002 | MTC-00026290
Smith, Robert Daniel | 0001 | MTC-00008980
Smith, Ron | 0001 | MTC-00018961
Smith, Ronny | 0001 | MTC-00017600
Smith, Sam | 0001 | MTC-00002954
Smith, Stacy | 0001 | MTC-00001480
Smith, Steve | 0001 | MTC-00033470
Smith, Steven | 0001 | MTC-00030943
Smith, Steven M. | 0001 | MTC-00002992
Smith, Susan | 0001 | MTC-00008547
Smith, Troy | 0001 | MTC-00015797
Smith, Wayne | 0001 | MTC-00016555
SMobley@ easystreet.com | 0001 | MTC-00002964
smodan@ msn.com | 0001 | MTC-00028586
Smolar, Tony | 0001 | MTC-00027682
Smuthy, Donald | 0001 | MTC-00024101
smyczpe@ auburn.edu | 0001 | MTC-00028654
Smyj, Matthew k> | 0001 | MTC-00021738
Smykay, Chad | 0001 | MTC-00022632
Snelling, Dale | 0001 | MTC-00029039
Snepper, Filip | 0001 | MTC-00017577
Snider, Scott | 0001 | MTC-00023827
Snodgrass, Saeed | 0001 | MTC-00015530
Snover, Steven | 0001 | MTC-00019464
Snow, Bob | 0001 | MTC-00026517
Snyder, Dan | 0002 | MTC-00002113
Snyder, Lorraine | 0001 | MTC-00025653
Snyder, Marvin | 0001 | MTC-00000979
Snyder, Mary L. | 0001 | MTC-00009048
Socha, Rudy | 0001 | MTC-00004934
Soegaard, Don | 0001 | MTC-00021195
Sogie, Adrianund, Fred | 0002 | MTC-00031079
Soko@ kendaco.telebyte.com | 0001 | MTC-00028238
Solar, Philip | 0001 | MTC-00005354
Solcher, Daniel W. | 0001 | MTC-00025853
Solet, L. Thomas | 0001 | MTC-00000088
Solid Force | 0001 | MTC-00019459
Sollars, David | 0001 | MTC-00000730
Solnok, Tom | 0001 | MTC-00024650
Soltys, Jamie | 0001 | MTC-00021458
Someonedead@ gods-heaven.com | 0001 | MTC-00009881
Somonini, Alessandro | 0001 | MTC-00025302
Somu, Peter | 0001 | MTC-00017630
Son, Scha | 0001 | MTC-00029818
Sonchek, Steven | 0001 | MTC-00002857
Sonney, Kevin | 0001 | MTC-00016540
Soprych, John | 0001 | MTC-00000228
Sorensen, Arlin | 0001 | MTC-00005040
Sori, Robert | 0001 | MTC-00007926
Sosenko, John | 0001 | MTC-00030525
Sosenko, John | 0002 | MTC-00025348
Sowder, Cherry | 0001 | MTC-00023776
Sowerby, David | 0001 | MTC-00017448
Spadaro, Anthony | 0001 | MTC-00019683
Spain, Mark | 0001 | MTC-00023083
Spangler, Jason | 0001 | MTC-00016227
Spangler, Mike | 0001 | MTC-00001137
Spangler, Ray G. | 0001 | MTC-00027432
Spani, Marco | 0001 | MTC-00011462
Spears, Anthony | 0001 | MTC-00016809
Spears, Joan and Seymour | 0001 | MTC-00001165
Speer, Eric | 0001 | MTC-00030818
Speers, Daniel | 0001 | MTC-00027231
Speier, Guy | 0001 | MTC-00016081
Spencer, Chris | 0001 | MTC-00029837
Spencer, Harvey | 0001 | MTC-00026351
Spencer, Ken | 0001 | MTC-00020646
Spencer, Lee | 0001 | MTC-00003424
Spencer, Randy | 0001 | MTC-00022261
Spencer-Priebe, Steven | 0001 | MTC-00016948
Sperdut, Armanol | 0002 | MTC-00031810
Sperry, Jack | 0002 | MTC-00025694
Spielman, Martha | 0001 | MTC-00033436
Spies, Nicholas | 0002 | MTC-00001945
Spinka, James and Jean | 0001 | MTC-00031750
Spivak, Igor | 0001 | MTC-00008669
Sporleder, Richard | 0001 | MTC-00021940
Spots1078@ aol.com | 0001 | MTC-00021942
Springer, John | 0001 | MTC-00001269
sprngrpat@ cox.net | 0001 | MTC-00021434
Spurlock, Michael | 0001 | MTC-00017412
Spurr, William | 0001 | MTC-00005315
Squires, Connie | 0002 | MTC-00027322
Srinivas, K. T. | 0001 | MTC-00014649
Srinivasan, Ganesh | 0001 | MTC-00030570
St. Claire, Veronica | 0001 | MTC-00007762
St. Onge, Eric | 0001 | MTC-00016531
Stables, Vicky | 0001 | MTC-00028896
Stachowiak, Deborah | 0001 | MTC-00005453
Staebler, Carole | 0001 | MTC-00010147
Stafford, Lesa | 0001 | MTC-00029644
Stage, Dennis | 0002 | MTC-00014464
Stallins, Curtis | 0001 | MTC-00002975
Stallone, Cosmo | 0001 | MTC-00009686
Stambaugh, Margaret | 0001 | MTC-00022756
Stamm, Richard | 0001 | MTC-00023128
Stampleman, Joe | 0001 | MTC-00002183
Stanforth, John | 0001 | MTC-00003319
Stanley, Benjamin | 0001 | MTC-00026168
Stanley, Gordon | 0001 | MTC-00006597
Stanley, James | 0001 | MTC-00004674
Stanley, Steven | 0001 | MTC-00001068
Staplin, Ted | 0001 | MTC-00031870
Starett, John | 0001 | MTC-00017433
Stargrove, Mitch | 0001 | MTC-00018291
Starkel, Jamie | 0001 | MTC-00021711
Starkey, Patricia | 0001 | MTC-00033142
Starnes, Linda | 0001 | MTC-00029433
Starr, Patrick | 0001 | MTC-00030265
Stathakis, Jennifer | 0001 | MTC-00004310
Steadman, Kenneth D. | 0002 | MTC-00030839
Steard, Arnanda | 0001 | MTC-00030590
Steele, Dianne | 0001 | MTC-00023647
Steen, Fred | 0002 | MTC-00030697
Steensma, Keith | 0001 | MTC-00000473
Stefenel, Rudy | 0003 | MTC-00001116
Steffenson, Merle | 0001 | MTC-00009676
Steffy, Robert | 0002 | MTC-00008721
Stehr, Ryan | 0001 | MTC-00026219
Steiert, Greg | 0001 | MTC-00019137
Stein, Daniel | 0001 | MTC-00015544
Stein, Howard | 0001 | MTC-00009581
Steiner, Richard L. | 0001 | MTC-00027249
Steinmeyer, E. | 0001 | MTC-00006472
Steiny, Don | 0001 | MTC-00000070
Stemeker, Johnny | 0001 | MTC-00007966
Stengel, Charles | 0001 | MTC-00008653
Stephens, Billy | 0001 | MTC-00002896
Stephens, Don | 0001 | MTC-00026247
Stephens, Ron | 0001 | MTC-00031060
Stephenson, Bruce and Janet | 0001 | MTC-00023264
Stepp, Lewis | 0001 | MTC-00030663
Stereno, Lorrainne | 0001 | MTC-00005477
stevej@ deadsplene.com | 0001 | MTC-00014557
Steven Gorkowski | 0001 | MTC-00019723
Stevens, Douglas | 0001 | MTC-00025261
Stevens, Timothy | 0001 | MTC-00001148
Stevenson, Herbert L. | 0001 | MTC-00029593
Stevenson, John | 0001 | MTC-00027163
Stevenson, Mark | 0001 | MTC-00024464
Steward, Ron | 0001 | MTC-00027720
Stewart, Andrew | 0001 | MTC-00025704
Stewart, Geoff | 0001 | MTC-00022684
Stewart, Toy | 0001 | MTC-00030262
Stickland, Thomas E. | 0001 | MTC-00032531
Stillwagen, John | 0001 | MTC-00017698
Stillwaggon, Dennis | 0001 | MTC-00000743
Stineman, Michael | 0002 | MTC-00028850
Stinson, Baxter | 0001 | MTC-00020388
Stoce, Jennifer | 0001 | MTC-00025465
Stock, Mark | 0001 | MTC-00023652
Stockwell, William | 0001 | MTC-00024115
Stoddard, Mike | 0001 | MTC-00019340
Stoecker, Matthew | 0001 | MTC-00028421
Stoffel, Mick | 0001 | MTC-00027705
Stoll, Eric | 0001 | MTC-00015233
Stolp, Gary | 0001 | MTC-00009323
Stolper, Mike | 0001 | MTC-00005425
Stone, Hal | 0002 | MTC-00027197
Stone, Jill | 0001 | MTC-00001270
Stortz, Mike | 0001 | MTC-00015541
Stout, Charles | 0001 | MTC-00009719
Stout, Mark | 0002 | MTC-00000907
Stout, Paul | 0001 | MTC-00007981
Stover, Phil | 0001 | MTC-00005694
stover8@ juno.com | 0001 | MTC-00028224
Strain, John J. | 0001 | MTC-00028563
Strand, Alan | 0001 | MTC-00029637
Strasser, Michael | 0001 | MTC-00005430
Stratton, Randy | 0001 | MTC-00030266
Streger, Larry | 0001 | MTC-00009611
Stribling, Mark | 0001 | MTC-00003684
Strickland, John and Sandy | 0001 | MTC-00002507
Stringer, Wayne | 0001 | MTC-00029649
Stroble, James | 0001 | MTC-00017856
Stroman, Judith | 0001 | MTC-00020378
Stromswold, Orrin | 0001 | MTC-00028658
Strong, Albert | 0001 | MTC-00028665
Strong, James | 0001 | MTC-00031290
Strong, Jeff | 0001 | MTC-00001939
Strube, Wayne | 0001 | MTC-00031787
Struckhoff, Ian | 0001 | MTC-00000572
Stuart, Graham | 0001 | MTC-00000378
Stuart, LB | 0001 | MTC-00024555
Stuart, Mike | 0001 | MTC-00030517
Stuart, Stan | 0001 | MTC-00001132
Stubbs, Todd | 0001 | MTC-00001464
Stuckey, William E. | 0001 | MTC-00015418
Studelhoff, Scott | 0001 | MTC-00023034
Stuling, Mike | 0001 | MTC-00001458
Stults, Don | 0001 | MTC-00032358
Stunt, Car | 0001 | MTC-00000259
Sturgeon, Jared | 0001 | MTC-00022318
Stutzman, Ken | 0001 | MTC-00005813
Su, Ying Fu | 0001 | MTC-00024736
Sueysch30@ aol.com | 0001 | MTC-00006805
Suitler, Francis | 0001 | MTC-00029842
Sule, Michael | 0001 | MTC-00030292
Sullivan, Brian | 0001 | MTC-00000315
Sullivan, Daniel | 0001 | MTC-00005481
Sullivan, Troy | 0001 | MTC-00001027
Sumlin, Jack | 0001 | MTC-00030903
Summers, Erika | 0001 | MTC-00031293
Summers, Robin | 0001 | MTC-00011373
Sunkavalli, Vikram | 0001 | MTC-00015052
Sur, Sylivia | 0001 | MTC-00025451
Surens, Frank | 0001 | MTC-00000906
Surlow, James | 0001 | MTC-00029002
Susan Hussey, AKA susanhussey@ pcc.net | 0001 | MTC-00020397
Svetlik, Cleve | 0001 | MTC-00025366
Swanson, John | 0001 | MTC-00025394
Swanson, Wayne | 0001 | MTC-00019323
Swartzendruber, Ryan | 0001 | MTC-00016658
Swayer, Steve | 0001 | MTC-00032424
Sweeney, Edward | 0001 | MTC-00009726
Sweeney, John | 0001 | MTC-00008860
Sweetland, Susan | 0001 | MTC-00029822
Swickard, Joshua | 0001 | MTC-00017692
Swift, Steven | 0002 | MTC-00021165
Swing, Rex | 0001 | MTC-00003390
sylviakimbrell@ msn.com | 0001 | MTC-00014521
Szot, Frank | 0001 | MTC-00003305
Tabassian, Hamid | 0001 | MTC-00028568
Tag, Robert P. | 0001 | MTC-00020000
Tahir, Saghir; Johnson, Roger; Gonzalez, Carlos | 0001 | MTC-00031170
Talarczyk, Robert | 0001 | MTC-00032378
Talbot, Russ | 0001 | MTC-00001965
Talleys | 0001 | MTC-00009000
Talmadge, David | 0001 | MTC-00009953
Tambe, Asif | 0001 | MTC-00014684
Tamm, Jason | 0001 | MTC-00009738
Tan, Larry | 0001 | MTC-00002005
Tanaka, Jeffrey | 0001 | MTC-00002138
Tanaka, Wayne | 0001 | MTC-00007007
tanerfz@ webtv.net | 0001 | MTC-00009974
Tang, Jessica | 0001 | MTC-00000745
Tanner, Rob | 0001 | MTC-00018501
Tanzillo, John | 0001 | MTC-00025051
Tapp, Ron | 0001 | MTC-00002957
Tarbell, John | 0001 | MTC-00012534
Tashima, Jane | 0001 | MTC-00008375
Tate, Tim | 0001 | MTC-00016905
Tatum, Josh | 0001 | MTC-00015445
Tatz, Jim | 0001 | MTC-00015137
Taurins, Agris | 0001 | MTC-00016132
Taurus5164@ aol.com | 0001 | MTC-00007662
Tawa, Lawrence S. | 0001 | MTC-00019116
Taxis, Sam | 0001 | MTC-00025089
Tayler, Howard | 0001 | MTC-00025682
Taylor, Dennis | 0001 | MTC-00019336
Taylor, Francine | 0001 | MTC-00018255
Taylor, Greg | 0001 | MTC-00005440
Taylor, Jerry | 0001 | MTC-00030572
Taylor, Joe II | 0001 | MTC-00007999
Taylor, Lana | 0001 | MTC-00023588
Taylor, Lester and Pam | 0001 | MTC-00029049
Taylor, Matthew | 0001 | MTC-00025824
Taylor, Michael | 0001 | MTC-00018625
Taylor, Robert | 0001 | MTC-00006727
Taylor, Robert M. | 0001 | MTC-00009518
Taylor, Robert M. Jr. | 0001 | MTC-00022158
Tazanator | 0001 | MTC-00024490
TDill@ rochester.rr.com | 0001 | MTC-00028230
Teater, Angela | 0001 | MTC-00022975
tee@ nonantum.com | 0001 | MTC-00010889
Teevens, Jerome | 0001 | MTC-00025121
tehart1@ emeritech.net | 0001 | MTC-00014687
Teitel, Jeff | 0001 | MTC-00018675
Tell, Del | 0001 | MTC-00026399
Temple, Edmond | 0001 | MTC-00022713
Temple, Elliot | 0001 | MTC-00020257
Tennis, Ricahrd | 0001 | MTC-00021852
Tenore, Fred | 0001 | MTC-00027938
Tepper, Dan | 0001 | MTC-00027680
testass8@ aol.com | 0001 | MTC-00014513
Tester, Helen | 0001 | MTC-00030551
Tetrault, Tom | 0001 | MTC-00022348
Tetterton, Kelly | 0001 | MTC-00022379
Tetzlaff, Thomas | 0001 | MTC-00019018
Tewkesbury, Ted | 0001 | MTC-00018521
Texmur01@ interderv.com | 0001 | MTC-00010882
tft@ eudoramail.com | 0001 | MTC-00001198
thames@ iland.net | 0001 | MTC-00021420
The1stBA@ aol.com | 0001 | MTC-00006479
THEBL@ aol.com | 0001 | MTC-00011799
Thedford, Tony | 0001 | MTC-00002899
TheL1Ranger | 0002 | MTC-00027497
Theroidboy | 0001 | MTC-00001781
Thibault, Steven | 0001 | MTC-00015167
Thiel, Leilah | 0001 | MTC-00018354
Thiesmeyer, Kirt | 0001 | MTC-00022611
Thomas J. Kempkes | 0001 | MTC-00019750
Thomas, Beverly | 0001 | MTC-00030695
Thomas, Cynthia | 0001 | MTC-00008898
Thomas, Harry A. | 0001 | MTC-00031554
Thomas, Jeff | 0001 | MTC-00015524
Thomas, Maureen | 0002 | MTC-00004913
Thomas, Robert | 0001 | MTC-00026243
Thomas, Scott | 0002 | MTC-00030940
Thompson, Alan | 0001 | MTC-00020269
Thompson, Ben | 0001 | MTC-00001467
Thompson, Betty | 0001 | MTC-00007996
Thompson, Bryan | 0001 | MTC-00000430
Thompson, Cole | 0001 | MTC-00000519
Thompson, Dan | 0001 | MTC-00025658
Thompson, Gerald | 0001 | MTC-00011016
Thompson, Gerald | 0001 | MTC-00019862
Thompson, Jean | 0001 | MTC-00012613
Thompson, Josh | 0001 | MTC-00017065
Thompson, Ken | 0001 | MTC-00019772
Thompson, Michael | 0002 | MTC-00031634
Thompson, Ray | 0001 | MTC-00001528
Thompson, Raymond | 0001 | MTC-00024390
Thompson, Rick | 0001 | MTC-00015019
Thompson, William G. | 0001 | MTC-00015594
Thomy, Greg | 0001 | MTC-00033380
Thomy, Gregory | 0001 | MTC-00022073
Thornton, Merton | 0001 | MTC-00026229
Thornton, Shelby | 0001 | MTC-00022190
Thorp, Coy | 0001 | MTC-00017169
Thorson, Bill | 0002 | MTC-00022617
Thurston, David W. | 0001 | MTC-00015668
Tibbetts, Marvin | 0001 | MTC-00006476
Tidd, Randy | 0001 | MTC-00024120
Tidwell, Ed | 0003 | MTC-00003086
Tidwell, Ella | 0001 | MTC-00011336
Tidwell, Jeffrey R. | 0002 | MTC-00031565
Tietjen, Richard | 0001 | MTC-00018372
Tietjen, Scott | 0001 | MTC-00024461
Tighe, Richard | 0001 | MTC-00008048
Timmons, L. M. | 0001 | MTC-00032374
tinbloom@ mac.com | 0001 | MTC-00026184
Tinnell, William | 0001 | MTC-00005535
Tisch, Thomas A. | 0001 | MTC-00033860
Tiwalli, Shilpa | 0002 | MTC-00024473
Tje Talleys | 0001 | MTC-00032396
tlerb@ aol.com | 0001 | MTC-00028058
tmat032849@ aol.com | 0001 | MTC-00021441
To, Wyatt | 0001 | MTC-00005480
Todd, Charles | 0001 | MTC-00001129
Todd, Howard | 0001 | MTC-00005684
Todsen, William P. | 0001 | MTC-00001110
Toft, George | 0001 | MTC-00026762
Toia, Matthew | 0001 | MTC-00023430
Tollefson, Jane | 0001 | MTC-00030560
Tolnas, Barry | 0001 | MTC-00024588
Tom | 0001 | MTC-00021362
tom.moore@ jname.com | 0001 | MTC-00010380
tom@ wtg.usdoj.gov | 0001 | MTC-00000960
tomas.palmer@ i—codesmith.com | 0001 | MTC-00028099
Tomaschuk, Rick | 0001 | MTC-00001041
Tomchin, Edward | 0002 | MTC-00024640
Tomich, Shirley | 0001 | MTC-00033456
Tomlinson, David | 0001 | MTC-00026062
Tompkins, Bob | 0001 | MTC-00000245
Tonner, Edward | 0001 | MTC-00002149
Tooker, T. C. | 0001 | MTC-00026850
Toole, Bill | 0001 | MTC-00018306
Toole, Sanford | 0001 | MTC-00013427
Toon, David | 0001 | MTC-00030912
Topper, William K. | 0001 | MTC-00007669
Torraca, Louis | 0001 | MTC-00026770
Torres, Mary Ellen | 0001 | MTC-00028307
Torres, Wilfredo | 0001 | MTC-00001943
Toscano, Pete | 0001 | MTC-00020654
Towle, Andrew | 0001 | MTC-00015297
Towner, Erin | 0001 | MTC-00017394
Townsend, Richard | 0001 | MTC-00012599
Townsend, Roger | 0001 | MTC-00023601
Tracey, Rosemary | 0001 | MTC-00027759
Tracy, James | 0001 | MTC-00033538
Tragen, Helen | 0001 | MTC-00024482
trasharpe@ aol.com | 0001 | MTC-00028585
Travers, Christopher | 0001 | MTC-00018247
Treadway, Bill | 0001 | MTC-00023613
Treichel, Madith | 0001 | MTC-00021164
Treonis, Nathalie | 0001 | MTC-00006608
Trepanier, Paul | 0001 | MTC-00026957
Trewhitt, Janet | 0001 | MTC-00026806
Tribit, Bob | 0001 | MTC-00015216
Trice, Robert E., Sr. | 0001 | MTC-00009589
Trieger, Andrew | 0002 | MTC-00000384
Trieger, Drew | 0001 | MTC-00019219
Troje, Charles | 0001 | MTC-00001056
Trom, Charles | 0002 | MTC-00026757
Troth, Laura | 0001 | MTC-00026764
Trowbridge, Mark | 0001 | MTC-00013831
Troyer, Paul | 0001 | MTC-00001402
Trueblood, John | 0001 | MTC-00009688
Tsines, George | 0001 | MTC-00022368
Tsuda, Alan | 0001 | MTC-00025328
Tsui, Talos | 0001 | MTC-00001532
Tucker, Asa D. | 0001 | MTC-00026500
Tucker, Brent | 0001 | MTC-00020256
Tucker, Mark | 0001 | MTC-00023383
Tucker, Phil | 0001 | MTC-00015164
Tucker, Russell | 0003 | MTC-00031245
Tuckett, Paul | 0001 | MTC-00019655
Tulloch, Robert F. | 0001 | MTC-00001142
Tuomey, Steve | 0001 | MTC-00020758
TUPAI35@ aol.com | 0001 | MTC-00026222
Tupler, Marc | 0001 | MTC-00008916
Turcaso, David | 0001 | MTC-00018959
Turco, Frances | 0001 | MTC-00024590
Turetzky, Ari | 0001 | MTC-00015696
Turk, Nicolas | 0001 | MTC-00003838
Turki, Jim | 0001 | MTC-00008325
Turnbull, Britt | 0001 | MTC-00018210
Turner, Andrew | 0001 | MTC-00025829
Turner, Benjamin J. | 0001 | MTC-00001940
Turner, Jay | 0001 | MTC-00017574
Turner, Kathleen | 0001 | MTC-00026228
Turner, Kevin | 0001 | MTC-00019432
Turner, Philip | 0001 | MTC-00022457
Turner, Wayne | 0001 | MTC-00026938
Turnley, John | 0001 | MTC-00019308
Turnquist, Margaret | 0001 | MTC-00031878
Turpin, Sten | 0001 | MTC-00018362
Tuschong, Lin | 0001 | MTC-00027694
Tvenstrup, Brian | 0001 | MTC-00014044
Twa, Darren | 0001 | MTC-00019319
Tweedie, Roy | 0001 | MTC-00022100
TweekXX | 0001 | MTC-00023494
Twigg, Kenneth | 0001 | MTC-00029814
twotoads@ webtv.net | 0001 | MTC-00028590
Tyler, Jack | 0001 | MTC-00004418
Tyler, Jay Dylan | 0001 | MTC-00032099
Tyler, Joanna | 0001 | MTC-00007983
Tyler, Mose | 0001 | MTC-00033534
Tyrrell, Simon | 0001 | MTC-00021510
Tyson, Stu | 0001 | MTC-00001077
Tyzack, Jonathan | 0001 | MTC-00020484
TZ | 0001 | MTC-00018671
t—odwyer@ yahoo.com | 0001 | MTC-00028064
t—odwyer@ yahoo.com | 0001 | MTC-00033582
Udell, Bill | 0001 | MTC-00020139
Uguccioni, Dick | 0001 | MTC-00010226
Ulmer, Jack | 0001 | MTC-00017041
Ulrich, Garnet | 0001 | MTC-00015534
ulrichw@ samlink.com | 0001 | MTC-00014510
Uman, Howard | 0001 | MTC-00021016
Unangst, Ron | 0001 | MTC-00022737
Underwood, Russ | 0001 | MTC-00002858
Underwood, Scott | 0001 | MTC-00018963
Unger, Jason | 0002 | MTC-00031846
Unger, Phillip E. | 0001 | MTC-00002213
Ungle, Sam | 0001 | MTC-00007099
Updegraff, Dave | 0001 | MTC-00030674
Urquizo-Soriano, Juan | 0001 | MTC-00029421
Uskup, Ergin | 0001 | MTC-00005538
Utley, Philip | 0003 | MTC-00023833
Uwakaneme, Chukwuma | 0001 | MTC-00020489
v2Krause@ btv.ibm.com | 0001 | MTC-00015136
Vacalebre, Claudio | 0001 | MTC-00005274
Vagts, Brian | 0001 | MTC-00021343
Vaiana, Joseph and Mim | 0002 | MTC-00032054
Valiant, Catherine | 0001 | MTC-00000794
Valva, Salvatore | 0002 | MTC-00029832
van Assendelft, Dirk | 0001 | MTC-00020937
Van Ast, Paul | 0001 | MTC-00005142
Van Cleve, Roger | 0001 | MTC-00022342
Van De Vyver, Dirk | 0001 | MTC-00001907
Van Dinter, Jim | 0001 | MTC-00001973
Van Dongen, Costyn | 0001 | MTC-00015287
van Gent, Robert | 0001 | MTC-00022178
Van Heden, Andrew | 0001 | MTC-00005018
Van Patten, John and Heidi | 0001 | MTC-00023686
Van Sickle, Harold | 0001 | MTC-00000001
Van Swaay, Dirk | 0001 | MTC-00001136
Van Unen, Roger | 0001 | MTC-00001070
van Wijk, Jan | 0001 | MTC-00020942
Van Winkle, Robert | 0001 | MTC-00005693
Van Wyk, Mike | 0001 | MTC-00017067
VanAsten, Vaughn | 0001 | MTC-00024192
vanBalen, David | 0001 | MTC-00000084
Vance, Larry | 0001 | MTC-00000752
Vandervander, Joe | 0001 | MTC-00015394
VanDyke, Stuart H. | 0001 | MTC-00026992
Vann, John | 0001 | MTC-00017130
VanSickle, Harold | 0001 | MTC-00001683
vantuyl—jamie—nonlilly@ lilly.com | 0001 | MTC-00024384
Varano, Charles | 0001 | MTC-00010795
Vardy, Beverly | 0001 | MTC-00028474
Vargas, Dustin | 0001 | MTC-00000312
Varhau, Keith and Arlene | 0001 | MTC-00027549
Varin, Stephen | 0001 | MTC-00001442
Varner, Jody | 0001 | MTC-00011568
Vasconcellos, Bruce | 0001 | MTC-00027576
Vasquez, Hector | 0001 | MTC-00018321
Vassar, Esther | 0001 | MTC-00031258
Vaughan, Dan | 0001 | MTC-00021094
Vawter, Noah | 0001 | MTC-00021492
Vazquez, Orpheus | 0001 | MTC-00028846
Vedder, David | 0001 | MTC-00000557
veefydave@ hotmail.com | 0001 | MTC-00010872
VeifnUS, nsew | 0001 | MTC-00017196
Venditti, Daniel W. | 0001 | MTC-00030806
vendor@ techcollective.com | 0001 | MTC-00028229
Venter, Liebrecht | 0001 | MTC-00002879
Ventura, Albert | 0001 | MTC-00007953
Verbarg, Daniel | 0001 | MTC-00000089
Verbeek, Todd | 0001 | MTC-00003475
Verberg, Daniel | 0001 | MTC-00032243
Verbon, Russ and Jacque | 0001 | MTC-00001881
Verhoeven, Alex | 0001 | MTC-00022175
VerHoeven, Grace | 0001 | MTC-00006126
Verthein, William | 0001 | MTC-00024328
Vetica, Dennis | 0001 | MTC-00007005
Vickers, Tim | 0001 | MTC-00025839
Victor, Jayne | 0001 | MTC-00031891
Victor, John | 0001 | MTC-00021928
Victor, John | 0001 | MTC-00005530
Viens, Marie | 0001 | MTC-00020393
Vil6 | 0001 | MTC-00001146
Vincent, Brian | 0001 | MTC-00018679
Vincent, Carol | 0001 | MTC-00030599
Vincent, David | 0002 | MTC-00020688
Vinson, Clay | 0001 | MTC-00025216
Vitalo, Michael | 0001 | MTC-00015531
Vittone, John | 0001 | MTC-00006212
Vlahos, Bill | 0001 | MTC-00023837
vlamb@ aduanta-tech.com | 0001 | MTC-00021426
vlevy022728 | 0001 | MTC-00021391
VM | 0001 | MTC-00001340
VM | 0002 | MTC-00001342
Vogel, Larry | 0001 | MTC-00001495
Vogtmann, Lyle D. | 0001 | MTC-00023717
Voinea, Adrian | 0001 | MTC-00022169
Volker, Jim | 0001 | MTC-00018880
Volner, Billy | 0001 | MTC-00009305
Volner, Jesse | 0001 | MTC-00001722
Von Brethorst, Loris | 0001 | MTC-00023650
Von Stein, Fred | 0001 | MTC-00020185
Von Wald, Cris | 0001 | MTC-00008678
von Wurmb, George | 0001 | MTC-00010157
VonBurg, Fred | 0001 | MTC-00026769
Vonschischkoff, Sergius | 0001 | MTC-00022370
Votypka, Edward | 0002 | MTC-00028407
Vrandall | 0001 | MTC-00025199
W, Jeff | 0001 | MTC-00011516
Wack, David | 0001 | MTC-00020910
Wacker, Wynn | 0002 | MTC-00026786
Waddington, R. | 0001 | MTC-00026990
Wade, Karsten | 0001 | MTC-00026557
Wadeff, Donald | 0001 | MTC-00013850
Wadlow, Randy L. | 0001 | MTC-00009973
Wadsworth, Eric | 0001 | MTC-00027700
Wagner, Charles | 0001 | MTC-00006182
Wagner, John | 0001 | MTC-00005525
Wahl, Daniel | 0001 | MTC-00007819
Wahlstron, Ann | 0001 | MTC-00021226
Waites, Patrick | 0001 | MTC-00018591
Waits, Stephen | 0001 | MTC-00018234
Wake, Harold E. | 0001 | MTC-00006725
Waldo, Jim | 0001 | MTC-00029959
walharpiii@ aol.com | 0001 | MTC-00024238
Walion, Robert | 0001 | MTC-00027155
Walker, Daniel | 0001 | MTC-00022521
Walker, David | 0001 | MTC-00001094
Walker, Doug | 0001 | MTC-00002115
Walker, Edward J. | 0001 | MTC-00021440
Walker, John | 0001 | MTC-00030690
Walker, Kevin | 0001 | MTC-00001425
Walker, Martha Jane | 0001 | MTC-00008047
Walker, Michael | 0001 | MTC-00019768
Walker, Sandra | 0002 | MTC-00025065
Walker, Will | 0001 | MTC-00015188
Wallace, Alexander | 0001 | MTC-00024968
Wallace, Laura | 0001 | MTC-00033215
Wallen, Drew | 0001 | MTC-00000067
Wallman, Michael | 0001 | MTC-00000993
Walls, Louise | 0001 | MTC-00010498
Walser, Robert A. | 0001 | MTC-00012385
Walseth, Jonathan | 0001 | MTC-00001725
Walsh, Daniel | 0001 | MTC-00031300
Walstad, Leonard | 0001 | MTC-00026768
Walter, Bock | 0001 | MTC-00005035
Walter, Diane | 0001 | MTC-00029813
Walter, Helga | 0002 | MTC-00023606
Walters, Allan | 0001 | MTC-00022031
Walters, Jane | 0001 | MTC-00021475
Walters, Pat | 0002 | MTC-00022339
Walters, Wesley | 0001 | MTC-00000222
Waltman, Kim | 0002 | MTC-00029802
Waltz, Robert B. | 0001 | MTC-00001811
Wamble, Robert | 0001 | MTC-00016677
Wang, Bill | 0001 | MTC-00004306
Wang, James | 0001 | MTC-00030275
Wang, William | 0001 | MTC-00001410
Wang, William | 0001 | MTC-00001414
Warburton, Dan | 0001 | MTC-00027715
Ward, Alan | 0001 | MTC-00021934
Ward, Frances | 0002 | MTC-00026857
Ward, Jim | 0001 | MTC-00000789
Ward, Mark | 0001 | MTC-00015577
Ward, Nancy | 0002 | MTC-00029001
Ward, Thomas | 0001 | MTC-00023685
Ward, Tom | 0001 | MTC-00002259
wardski1@ msn.com | 0001 | MTC-00014494
Warhol, Jim | 0001 | MTC-00028857
Warren, Bob | 0001 | MTC-00025731
Warring, Jack | 0001 | MTC-00005421
Warsham, Margaret L. | 0001 | MTC-00027447
Washbumu, WK | 0001 | MTC-00031217
Washington, Craig | 0001 | MTC-00001717
Wass, Karen | 0001 | MTC-00007021
Wassendorf, Russell | 0001 | MTC-00021026
Wassil, Michael | 0001 | MTC-00016697
Wassinger, William | 0001 | MTC-00007187
water1@ ij.net | 0001 | MTC-00021431
Waters, Alice | 0001 | MTC-00030920
Waterson, Chris | 0001 | MTC-00028561
Watkins, Howard D. | 0001 | MTC-00025972
Watkins, Marv | 0001 | MTC-00018605
Watson, Donald | 0001 | MTC-00032095
Watson, Shane | 0001 | MTC-00024128
Watts, Coleman | 0001 | MTC-00021745
Watts, G. W. | 0001 | MTC-00030573
Way, Dale W. | 0001 | MTC-00004231
Wayne, Annabel | 0001 | MTC-00005550
wayned1@ earthlink.net | 0001 | MTC-00021437
wa—mouse@ hotmail.com | 0001 | MTC-00024774
wbergset@ isd.net | 0001 | MTC-00025095
wdcameron@ attisi.com | 0001 | MTC-00017308
Weage, D. James | 0001 | MTC-00024046
wearent@ aol.com | 0001 | MTC-00028599
Weast, Lane | 0001 | MTC-00015314
Weathers, Cliff | 0001 | MTC-00022093
Weaver, Matt | 0001 | MTC-00018395
Weaver, Merle | 0001 | MTC-00027225
Webb, Ralph A. | 0001 | MTC-00021532
webmaster@ geltenrich.com | 0001 | MTC-00028236
Weeks, Delilah | 0001 | MTC-00014341
Weeks, Jonathan | 0001 | MTC-00019484
weep@ gte.net | 0001 | MTC-00010907
Wegener, Kenneth | 0001 | MTC-00026469
Wehner, F. E. | 0001 | MTC-00030442
Weiblen, Cerrise | 0002 | MTC-00023892
Weigert, Daniel | 0001 | MTC-00017589
Weil, Eric | 0001 | MTC-00019448
Weil, Ralph | 0001 | MTC-00008314
Weinberg, Les | 0002 | MTC-00009037
Weinstein, Morris | 0001 | MTC-00031888
Weinstein, Randy | 0001 | MTC-00024550
Weir, Thomas | 0002 | MTC-00010139
Weis, John | 0001 | MTC-00007019
Weiss, Damien | 0001 | MTC-00021183
Weissblum, Ken | 0001 | MTC-00005432
Weissburg, E. S. | 0001 | MTC-00023432
Weissenburg, Harold W. | 0001 | MTC-00008447
Weist, J. D. | 0001 | MTC-00031823
Welch, R | 0001 | MTC-00022503
Weleer, Don M. | 0001 | MTC-00025368
Weller, Peter A. | 0001 | MTC-00013320
Weller, Steve | 0001 | MTC-00026669
Wellford, McDonald | 0001 | MTC-00021618
Welsch, Dave | 0001 | MTC-00001073
Welsch, Kit | 0002 | MTC-00010700
Welty, Andrew | 0001 | MTC-00026799
Wendling, Rich | 0001 | MTC-00025676
Wenger, Christian | 0001 | MTC-00018695
Wentzel, Oscar | 0001 | MTC-00010130
Werckmeister, Robert | 0001 | MTC-00016733
Werner, Christopher Michael | 0001 | MTC-00016385
Werth, Brad | 0001 | MTC-00001279
Wes Bateman | 0001 | MTC-00019739
Wescott, Jeff | 0001 | MTC-00022636
Wesselman, Nick | 0001 | MTC-00015447
Wessol, Dan | 0001 | MTC-00002889
West Tennessee Print | 0002 | MTC-00000068
West, Gerry | 0001 | MTC-00012038
West, Jim | 0001 | MTC-00019303
Westenberg, Harry | 0001 | MTC-00029695
Wetherway, Rand | 0001 | MTC-00001399
Wetherway, Rand | 0001 | MTC-00001401
Weyenberg, Rick | 0001 | MTC-00005206
Weyenberg, Rick | 0001 | MTC-00032363
wguyco@ aol.com | 0001 | MTC-00024284
Wharton, Nat | 0001 | MTC-00003828
Wheaton, Pat | 0001 | MTC-00016550
Wheeler, Dan | 0001 | MTC-00021949
Wheeler, David | 0001 | MTC-00017693
Wheeler, Jesse | 0001 | MTC-00025030
Whelan, John W. | 0001 | MTC-00006511
Whitaker, Steve | 0001 | MTC-00001263
Whitbeck, George | 0001 | MTC-00024951
WHite, Carol L. | 0001 | MTC-00031070
White, David | 0001 | MTC-00025661
White, Emily | 0001 | MTC-00031285
White, Greg | 0001 | MTC-00032096
White, Jeffrey | 0002 | MTC-00000503
White, Jo Ann | 0001 | MTC-00005336
White, Kevin | 0001 | MTC-00005514
White, Mack and Lilly | 0001 | MTC-00026584
White, Mrs. J.H. | 0001 | MTC-00026874
White, Paul | 0001 | MTC-00007472
White, Steven | 0002 | MTC-00002433
White, Steven | 0001 | MTC-00030582
Whitecomb, David | 0001 | MTC-00015220
Whitecotton, Brian R. | 0001 | MTC-00017707
Whiteside, Ralp | 0001 | MTC-00011640
Whitewood, Paul | 0001 | MTC-00001501
Whitlock, Diane | 0001 | MTC-00033600
Whitmer, Ray | 0003 | MTC-00028894
Whitson, Art | 0001 | MTC-00021014
Whittle, Nikki | 0001 | MTC-00024331
Whobrey, Ronald D. | 0001 | MTC-00005569
Wiatrak, Ernest | 0001 | MTC-00028570
Wice, John | 0001 | MTC-00001611
wick@ nagoghill.com | 0001 | MTC-00014534
WIDGEON212@ aol.com | 0001 | MTC-00013378
Wiegand, Joseph | 0002 | MTC-00029834
Wieltschnig, Mike | 0001 | MTC-00030653
Wiemer-Hastings, Peter | 0001 | MTC-00018515
Wiemers, Sondra | 0001 | MTC-00030826
Wigger, Robert | 0001 | MTC-00029185
Wiggins, William | 0001 | MTC-00031267
Wiitala, Wilma | 0001 | MTC-00006712
Wike, Ron | 0002 | MTC-00029012
Wilcoxon, Barbara Ann | 0001 | MTC-00025736
Wilcoxson, B.A. | 0001 | MTC-00011616
Wilder, Joe Micki | 0001 | MTC-00004422
Wilder, Scott | 0001 | MTC-00020016
Wiley, Linda | 0001 | MTC-00007003
Wilke, Barbara | 0001 | MTC-00026515
Wilken, Wade | 0001 | MTC-00006192
Wilkens, Jacob | 0001 | MTC-00015867
Wilkins, Avery | 0002 | MTC-00019316
Wilkins, Jonathan | 0002 | MTC-00000562
Wilkinson, Doug | 0001 | MTC-00011292
Willchinson, Mark | 0001 | MTC-00030712
Willets, Robert | 0001 | MTC-00030287
Willey, Eugene | 0001 | MTC-00000281
Willey, Eugene | 0001 | MTC-00000282
Willey, Eugene L. | 0001 | MTC-00000250
William Yochum | 0001 | MTC-00030244
Williams, Bill | 0001 | MTC-00012066
Williams, David | 0001 | MTC-00015385
Williams, David S. | 0001 | MTC-00025024
Williams, Don | 0001 | MTC-00025843
Williams, Edward C. | 0002 | MTC-00002167
Williams, Fred | 0001 | MTC-00003325
Williams, Harold | 0001 | MTC-00027348
Williams, Henry | 0002 | MTC-00031289
Williams, Lee | 0001 | MTC-00010990
Williams, Nicholas | 0001 | MTC-00000477
Williams, Paul | 0001 | MTC-00002893
Williams, Robert | 0002 | MTC-00025062
Williams, Ron | 0001 | MTC-00002176
Williams, Terry | 0001 | MTC-00026217
Williams, Warren | 0001 | MTC-00026820
Williams, Wesley | 0001 | MTC-00028507
Williams, Whitney | 0001 | MTC-00018677
Williams, William | 0001 | MTC-00002104
Williamson, Andre | 0001 | MTC-00000217
Williamson, Carol | 0001 | MTC-00010072
Williamson, Jim | 0001 | MTC-00026212
Williamson, Jim | 0001 | MTC-00025452
Williamson, Micky | 0001 | MTC-00000226
WillieTrez@ aol.como | 0001 | MTC-00025828
Williford, Jane | 0001 | MTC-00033501
Willis, Mark | 0001 | MTC-00014555
Willoughby, Lee | 0001 | MTC-00016926
Wills, Roger | 0001 | MTC-00022880
Wilner, Richard A. | 0001 | MTC-00001831
Wilson, Bill | 0001 | MTC-00001643
Wilson, Bryan | 0001 | MTC-00000513
Wilson, Colin | 0001 | MTC-00016912
Wilson, Drake | 0001 | MTC-00019350
Wilson, Harry | 0001 | MTC-00017077
Wilson, John | 0001 | MTC-00001514
Wilson, Rufus John | 0001 | MTC-00010211
Wilson, Seamus J. | 0001 | MTC-00010214
Wilson, Ted S. | 0001 | MTC-00015417
Wilson, Tom | 0001 | MTC-00000249
Wilson, V. | 0001 | MTC-00000988
Wilson-Boggs, Marci | 0001 | MTC-00018999
Wilstrom, Jeff and Sharon | 0001 | MTC-00020708
Wiltgen, Charles | 0001 | MTC-00017125
Wiltonwood@ aol.com | 0001 | MTC-00006016
Wimsatt, Bill | 0002 | MTC-00002967
win.cartiss@ chrsolutions.com | 0001 | MTC-00021406
Winarsky, David | 0002 | MTC-00013018
Winbery, Chris | 0001 | MTC-00016222
Windes, Edwin | 0001 | MTC-00016415
Windrum, Bart | 0001 | MTC-00013365
Wing, James K. | 0001 | MTC-00018960
Wing, Shawn | 0001 | MTC-00026651
Wink, Dennis | 0001 | MTC-00000207
Winkler, Kyle | 0001 | MTC-00000928
Winski, Mike | 0001 | MTC-00009062
Winston, Chriss | 0001 | MTC-00027679
Winston, Christopher | 0001 | MTC-00024083
Winter, Daniel | 0001 | MTC-00028843
Wirht, John R. | 0001 | MTC-00030330
Wirth, John | 0001 | MTC-00030288
Wise, Philip | 0001 | MTC-00031866
Wisenant, Frank J. | 0001 | MTC-00021544
Wismar, Andrew | 0001 | MTC-00018629
Wisniewski, Roberta | 0002 | MTC-00026969
wissfire@ juno.com | 0001 | MTC-00026756
Wissuer, Seth | 0001 | MTC-00022885
Witcher, Robert | 0001 | MTC-00017371
Withing, P.T. | 0001 | MTC-00024614
Withington, David | 0001 | MTC-00020682
Withron, Gary | 0001 | MTC-00003425
Wizner, Mark | 0001 | MTC-00001169
wjd423@ aol.com | 0001 | MTC-00013822
Wlcoppe5955@ aol.com | 0001 | MTC-00010858
wmconveyarch@ msn.com | 0001 | MTC-00028173
Woelke, Jennifer | 0001 | MTC-00021608
Woesner, William | 0001 | MTC-0003473
Wofford, Ben | 0001 | MTC-00031563
Wohlers, John | 0001 | MTC-00015369
Wojcik, Chester J. | 0001 | MTC-00031982
Wolf, Joshua | 0001 | MTC-00023631
Wolfe, Janice | 0001 | MTC-00027248
Wolfe, Ken | 0001 | MTC-00000042
Wolfen616@ aol.com | 0001 | MTC-00028086
Wolff, Steven B. | 0001 | MTC-00001656
Wolff, Steven B. | 0001 | MTC-00018375
Wolfgang, Millard | 0001 | MTC-00030255
wolfman@ mwesd.k12.nt.us | 0001 | MTC-00028240
Wolfs, Karl | 0001 | MTC-00031734
Wolkow, Michael | 0001 | MTC-00006911
Wonderlin, Gene | 0001 | MTC-00023502
Wong, Tony | 0001 | MTC-00022740
Wood, Adurey | 0001 | MTC-00028255
Wood, Dan | 0001 | MTC-00017093
Wood, Eric | 0001 | MTC-00001625
Wood, Joseph | 0001 | MTC-00000081
Wood, Thomas | 0001 | MTC-00005011
Woodard, Aaron | 0001 | MTC-00017784
Woodard, Barry | 0001 | MTC-00005801
Woodard, Howard | 0001 | MTC-00023590
Woodbury, William | 0001 | MTC-00030581
Woods, Penny | 0002 | MTC-00005636
Woodward, Carma | 0001 | MTC-00009427
Woodworth, Matthew | 0001 | MTC-00017110
Woolever, Jason | 0001 | MTC-00018099
Woollard, James | 0001 | MTC-00018349
Wooster, Steve | 0001 | MTC-00022187
Worden, William | 0001 | MTC-00026242
Work, Steven | 0001 | MTC-00021617
Wormser, E. | 0001 | MTC-00012755
Worrall, S.J. | 0001 | MTC-00033492
Worrell, Jr | 0002 | MTC-00004857
Worsham, Margaret C. | 0001 | MTC-00033540
Wragg, Steven | 0001 | MTC-00018369
Wray, Rich | 0002 | MTC-00006763
Wren, Tony | 0001 | MTC-00001519
Wright, Chuck | 0001 | MTC-00021487
Wright, Daniel | 0001 | MTC-00015159
Wright, Jeff | 0001 | MTC-00031059
Wright, John | 0001 | MTC-00000099
Wright, Matt | 0001 | MTC-00018042
Wright, Mike | 0001 | MTC-00023802
Wright, Robert | 0001 | MTC-00021138
Wright, Ted and Patricia | 0001 | MTC-00018684
Wronkiewicz, Ken | 0001 | MTC-00029437
Wslew1924@ aol.com | 0001 | MTC-00007048
Wu, David | 0001 | MTC-00005406
www.hoajr@ aol.com | 0001 | MTC-00014514
Wyatt, Charles | 0001 | MTC-00023353
Wynette Richard | 0001 | MTC-00019707
xero@ dns1provide.net | 0001 | MTC-00017052
Xi, Haifeng | 0001 | MTC-00000980
XLCH883@ aol.com | 0001 | MTC-00023668
Xu, Lei | 0001 | MTC-00000173
Yackle, Tim | 0001 | MTC-00001706
Yahr, Janice | 0001 | MTC-00033718
Yajima, Satoshi | 0002 | MTC-00027669
Yampolsky, Rob | 0003 | MTC-00003607
Yang, Michael | 0001 | MTC-00024037
Yates, Joseph | 0001 | MTC-00009727
Yates, Rod | 0001 | MTC-00031256
Yates, Scott | 0001 | MTC-00020199
Yaw, Bill and Donna | 0001 | MTC-00012796
Yeagley, Linda | 0001 | MTC-00031233
Yer, Al | 0001 | MTC-00024470
yesphonics@ qwest.net | 0001 | MTC-00024299
Yoakum, Stephen | 0001 | MTC-00027924
Yobs, Ruth | 0001 | MTC-00021201
Yocum, William | 0001 | MTC-00028491
Yoder, Kurt | 0001 | MTC-00022201
Yoo, David | 0001 | MTC-00026761
Yopp, Jan | 0001 | MTC-00031898
York, Anthony | 0001 | MTC-00005471
Yoshihara, Kathy | 0001 | MTC-00030543
Yost, Dave | 0001 | MTC-00001476
Young, A.T. | 0001 | MTC-00027186
Young, Arthur | 0001 | MTC-00002164
Young, Bill | 0001 | MTC-00031288
Young, Gary | 0001 | MTC-00001025
Young, Gary L. | 0001 | MTC-00031781
Young, Mark | 0001 | MTC-00025284
Young, Neal | 0001 | MTC-00017571
Young, Reid | 0001 | MTC-00017082
Youngblood, Matthew | 0001 | MTC-00015264
Youngdahl, Carl | 0001 | MTC-00026246
Younger, Brendan | 0001 | MTC-00019520
Youngstrom, Mike | 0001 | MTC-00017565
Yousuf, Faisal | 0001 | MTC-00003504
Yudin, Julian | 0001 | MTC-00007062
Yukes, Jamie | 0001 | MTC-00017486
Yukilevich, Felix | 0001 | MTC-00030293
Yukilevich, Felix | 0002 | MTC-00030294
Yuma, Russell | 0001 | MTC-00004376
Yurcovic, Daniel | 0001 | MTC-00000021
Yurman, Sara | 0002 | MTC-00028695
Yuval, Gideon | 0001 | MTC-00010827
Yuzzolin, John G. | 0001 | MTC-00001548
Zackim, Carole | 0001 | MTC-00009322
Zadina, Kurt | 0001 | MTC-00026013
Zaehringer, Ted | 0001 | MTC-00026878
Zahn, Tony | 0001 | MTC-00015374
Zahner, Richard | 0001 | MTC-00030805
Zahner, Richard | 0001 | MTC-00030816
Zajerko-Mckee, Nick | 0001 | MTC-00017123
Zak, Richard | 0001 | MTC-00021893
Zakson, Alex | 0001 | MTC-00008356
Zamecnik, Nathan | 0001 | MTC-00026356
Zane, Jeremy | 0001 | MTC-00027539
Zart, Nick | 0003 | MTC-00003180
Zast, Alan | 0001 | MTC-00001135
Zeevi, Joset | 0001 | MTC-00016935
Zeff, Robert | 0001 | MTC-00002436
Zegarra, Richard | 0001 | MTC-00013161
Zeigler, Jim | 0001 | MTC-00015766
Zellmer, Matt | 0001 | MTC-00030843
Ziegler, Johannes | 0001 | MTC-00011177
Zietz, Stan | 0001 | MTC-00021036
Zimmerlink, Angela | 0001 | MTC-00012905
Zimmerman, John | 0001 | MTC-00006143
Zink, John | 0001 | MTC-00021787
Zipperer, Kathleen | 0001 | MTC-00025517
Zippy Pinhead | 0001 | MTC-00001093
Zischkau, Herbert | 0001 | MTC-00026789
Zman@ cZon.net | 0001 | MTC-00028060
Zman@ cZon.net | 0001 | MTC-00028085
Zollars, William | 0001 | MTC-00032373
Zolli, Andrew | 0001 | MTC-00019776
Zorzi, Sherry | 0001 | MTC-00029773
Zsoldos Jr., Ellis M. | 0001 | MTC-00000205
Zyphur, Mike | 0002 | MTC-00024478
Zyskowski, Mike | 0001 | MTC-00008199

4. Express a View of the Revised Proposed Final Judgment and Offer a Limited Degree of Substantive Analysis

Name | Number of pages | Unique number
(u) | 0001 | MTC-00018130
— | 0002 | MTC-00029203
2trash | 0001 | MTC-00021140
78455@ attbi.com | 0001 | MTC-00028710
A GOP Loyalist | 0001 | MTC-00013489
A., George | 0002 | MTC-00020158
A.J. Kirby Co. | 0002 | MTC-00000628
aadieringer@ juno.com | 0001 | MTC-00024830
Aalseth, Douglas | 0001 | MTC-00013527
Aarant, Matthew | 0001 | MTC-00003966
Aaron, Mike | 0001 | MTC-00025118
Aaronson, Alan | 0002 | MTC-00027779
Aaronson, Russell | 0002 | MTC-00026458
Aas, Steve Ove | 0001 | MTC-00017479
Abadilla, J ulius | 0001 | MTC-00020172
Abarbanell, Gay | 0001 | MTC-00006396
Abate, Alessandro | 0002 | MTC-00004204
Abbas, Bill | 0001 | MTC-00014920
Abbe, John | 0001 | MTC-00001380
Abbey, Howard | 0001 | MTC-00015961
Abbey, Jon | 0001 | MTC-00016875
Abbott, Christopher | 0002 | MTC-00013564
Abbott, David | 0001 | MTC-00022263
Abbott, Jason | 0001 | MTC-00016648
Abdalian, Andrew | 0002 | MTC-00018036
Abele, Mona | 0001 | MTC-00028347
Abeles, Ken | 0001 | MTC-00006467
Aberman, John | 0001 | MTC-00033568
Aberman, Mickey | 0001 | MTC-00027524
Abilla, Peterson S. | 0001 | MTC-00021296
Abir, Pirooz | 0001 | MTC-00020864
Abraczinskas, Susan | 0001 | MTC-00030972
Abraham, Jibu | 0001 | MTC-00001999
Abraham, Leonard | 0001 | MTC-00012863
Abraham, Viola | 0001 | MTC-00021832
Abrahams, D. Mark | 0001 | MTC-00027521
Abrahams, Lionel C. | 0001 | MTC-00033289
Abrahamsen, Barry | 0001 | MTC-00022029
Abraldes, Grace | 0001 | MTC-00006940
Abrams, Steve | 0001 | MTC-00029687
Abreau, John | 0001 | MTC-00019109
Abreu, Gerald | 0001 | MTC-00004625
Absher, Henry G. | 0002 | MTC-00008249
Abur, Greg | 0002 | MTC-00031864
AC | 0002 | MTC-00019861
Acerra, Michele | 0001 | MTC-00007895
acesinger@ msn.com | 0001 | MTC-00028159
Acker, Jim | 0002 | MTC-00005057
Ackerman, Al | 0001 | MTC-00011995
Ackerman, Ed | 0001 | MTC-00015647
Ackerman, Trey | 0001 | MTC-00004032
Acklam, David | 0001 | MTC-00019947
Ackley, Bob | 0003 | MTC-00021522
Ackman, Terry | 0001 | MTC-00018920
ACROME@ purina.com | 0001 | MTC-00023104
Acunto, Diana | 0001 | MTC-00019298
Adalja, Amesh | 0001 | MTC-00018497
Adam, Kelli M. | 0003 | MTC-00014689
Adam, Nathaniel | 0001 | MTC-00013353
Adams, Brenner | 0002 | MTC-00014409
Adams, Chris | 0001 | MTC-00001020
Adams, Conlan | 0001 | MTC-00015186
Adams, Don | 0001 | MTC-00001988
Adams, Don | 0001 | MTC-00004658
Adams, Edgar | 0001 | MTC-00013466
Adams, George | 0002 | MTC-00033667
Adams, Henry G. | 0001 | MTC-00004750
Adams, James | 0001 | MTC-00027783
Adams, Janice | 0001 | MTC-00030349
Adams, Janice | 0001 | MTC-00031769
Adams, Jeff | 0002 | MTC-00001664
Adams, Jeff | 0001 | MTC-00019288
Adams, Jeff | 0001 | MTC-00017943
Adams, John | 0001 | MTC-00030983
Adams, John R. | 0002 | MTC-00006839
Adams, K.H. | 0001 | MTC-00001099
Adams, Lee | 0001 | MTC-00015764
Adams, Matthew | 0001 | MTC-00029659
Adams, Matthew D. | 0001 | MTC-00029706
Adams, Michael | 0001 | MTC-00031746
Adams, Paul | 0002 | MTC-00025391
Adams, Peter C.S. | 0001 | MTC-00001852
Adams, Peter C.S. | 0001 | MTC-00013749
Adcock, Gerald | 0001 | MTC-00008982
Addonizio, Anthony | 0001 | MTC-00026069
Adegard, Erik | 0001 | MTC-00007576
Adella@ msn.com | 0001 | MTC-00028127
Aden, Deb | 0001 | MTC-00029903
adesmara@ bellsouth.net | 0001 | MTC-00016048
Adeszko, Vincent | 0001 | MTC-00010174
Adkins, P.H. | 0001 | MTC-00000490
Adler, Bruce | 0001 | MTC-00012513
Adler, Sandra | 0001 | MTC-00006635
Admeen, The | 0002 | MTC-00001676
adrangardner@ mac.com | 0002 | MTC-00013647
Adrian | 0001 | MTC-00026309
Adriano | 0001 | MTC-00022450
Aein, Ben | 0002 | MTC-00021876
aerospectrum@ juno.com | 0001 | MTC-00028140
Affeld, James | 0001 | MTC-00018783
Affeld, James | 0001 | MTC-00018804
Affleck-Asch, William | 0002 | MTC-00004696
Afreespirit@ email.msn.com | 0001 | MTC-00028119
Afrris, Anita M. | 0001 | MTC-00029616
Afshani, Peyman | 0001 | MTC-00011060
aftl@ goldway.com | 0001 | MTC-00014501
Agarwal, Abhishek | 0001 | MTC-00023786
Agarwal, Mohinder | 0002 | MTC-00028281
Agarwal, Sandeep | 0001 | MTC-00012891
Agarwala, Vijay K. | 0001 | MTC-00018350
Agbodike, Afam | 0001 | MTC-00018169
Agee, Jules | 0002 | MTC-00018417
Ageri, Liz | 0001 | MTC-00011214
Aghazarian, Nick | 0001 | MTC-00019826
Agnello, Frank | 0001 | MTC-00000620
Agnello, Raymond | 0001 | MTC-00029686
Ahad, Rob | 0001 | MTC-00014471
Aharon, Daniel | 0001 | MTC-00003872
Ahern, Kevin | 0001 | MTC-00024948
Ahking, Peter | 0001 | MTC-00006487
Ahl, David | 0001 | MTC-00018744
Ahlf, Michael | 0001 | MTC-00017165
Ahlstrom, Chris | 0001 | MTC-00020855
Ahlstrom, Chris | 0001 | MTC-00023435
Ahmad, Omar | 0001 | MTC-00024435
Ahmed, Iyaz | 0001 | MTC-00006886
AHmed, Zimran | 0001 | MTC-00012882
Ahmed, Zimran | 0001 | MTC-00004265
Ahre, Ted | 0001 | MTC-00005655
Aichele, Justin | 0002 | MTC-00025362
Ailes, David | 0001 | MTC-00001884
Ainsworth, Kay | 0001 | MTC-00008054
airfoil2@ hotmail.com | 0001 | MTC-00021988
Aisen, Alex | 0007 | MTC-00028212
Aitala, Eric | 0001 | MTC-00016344
AITALA@ olemiss.edu | 0001 | MTC-00024820
Aitel, Moe and Grace | 0001 | MTC-00023945
Ajax, Randy | 0001 | MTC-00024839
Ajit | 0001 | MTC-00023439
Ajlouni, Suleiman | 0002 | MTC-00031438
Aker, Susan | 0001 | MTC-00004223
Akers, Laura | 0001 | MTC-00027990
Akin, Charles | 0001 | MTC-00029890
Akins, Chris | 0001 | MTC-00031117
AKkana | 0003 | MTC-00027242
Aksamet, Dennis | 0001 | MTC-00020833
Al-Beheshti, Ali | 0001 | MTC-00017708
alan@ interjot.com | 0001 | MTC-00011323
AlanB934@ aol.com | 0001 | MTC-00012406
Alayo, Sandra | 0001 | MTC-00010217
alba.ocasio@ juno.com | 0001 | MTC-00024781
Albee, Mike | 0001 | MTC-00013356
Albee, Thomas | 0002 | MTC-00027988
Alberg, Aaron | 0001 | MTC-00009885
Albers, Brian | 0001 | MTC-00027413
ALbers, Jeff | 0001 | MTC-00005769
Albert, Bob | 0001 | MTC-00005253
Albert, Dan | 0001 | MTC-00013546
Albert, Ernest | 0001 | MTC-00029789
Albert, Steve | 0001 | MTC-00009142
Albertelli, Guy | 0001 | MTC-00016766
Alberti, Ralph | 0001 | MTC-00027256
Alberts, Jay | 0001 | MTC-00000861
Alberts, Jay | 0001 | MTC-00032262
Alberts, Robert | 0001 | MTC-00005766
Albertsen, Carol | 0001 | MTC-00029774
Albertson, Brett | 0001 | MTC-00016099
AlbieV@ aol.com | 0001 | MTC-00013779
Albo, Dave | 0002 | MTC-00031043
Albright, Christopher | 0002 | MTC-00033434
Albright, Jim | 0001 | MTC-00007506
Albright, Libby | 0001 | MTC-00033810
Albright, Thomasi | 0001 | MTC-00014956
Albro, Jeff | 0001 | MTC-00015316
Alcorn, Warren D. | 0001 | MTC-00006203
Alderete, Michael | 0001 | MTC-00000300
Alderete, Michael | 0004 | MTC-00029756
Alderete, Michael | 0004 | MTC-00029651
Alderete, Michael A. | 0003 | MTC-00027544
Alderman, David | 0001 | MTC-00019850
Alderman, Nathan | 0002 | MTC-00026016
aleaggiano@ aol.com | 0001 | MTC-00014584
Aleksic, Miladin | 0001 | MTC-00007551
Alekson, Jim | 0001 | MTC-00006718
Alelyunas, Rob | 0002 | MTC-00011334
Alen, Betty | 0001 | MTC-00007592
Alevizopaulos, Dimitri | 0001 | MTC-00013716
Alexander, Bob | 0001 | MTC-00028767
Alexander, Carl | 0001 | MTC-00017658
Alexander, David T. | 0001 | MTC-00014818
Alexander, Deborah | 0002 | MTC-00033389
Alexander, Greg | 0002 | MTC-00018138
Alexander, Gregory W. | 0001 | MTC-00015471
Alexander, Kim | 0001 | MTC-00005868
aLEXANDER, mARK w. | 0002 | MTC-00019847
Alexander, Melanie C. | 0001 | MTC-00025256
Alexander, Nancy W. | 0001 | MTC-00006069
alexardw@ tklaw.com | 0001 | MTC-00009247
Alexeff, Igor | 0001 | MTC-00029561
Alexekos, George | 0001 | MTC-00011010
Alfieri, Matthew | 0001 | MTC-00029713
Alfieri, Matthew | 0002 | MTC-00027719
Alford, Harry | 0002 | MTC-00029036
Alford, Michael | 0001 | MTC-00032115
Alford, Seth | 0001 | MTC-00008801
Alhassan, Yazen | 0001 | MTC-00005665
Ali | 0001 | MTC-00008227
Alitoraf@ juno.com | 0001 | MTC-00010436
Allabashi, John | 0001 | MTC-00030739
Allan, Virginia | 0002 | MTC-00029920
Allard, Robert | 0001 | MTC-00031950
allcastiglia@ juno.com | 0001 | MTC-00011411
Allegretta, Chris | 0001 | MTC-00015217
Allegretta, Frank | 0001 | MTC-00009424
Allemana, Brian | 0002 | MTC-00026760
Allen, Alice | 0001 | MTC-00007886
Allen, Ben | 0001 | MTC-00009296
Allen, Bill | 0001 | MTC-00030898
Allen, Cliff | 0001 | MTC-00002501
Allen, Clint | 0001 | MTC-00026434
Allen, Daniel D. | 0001 | MTC-00027252
Allen, David | 0002 | MTC-00013781
Allen, Don | 0001 | MTC-00003481
Allen, Donald | 0001 | MTC-00007370
Allen, G | 0001 | MTC-00030151
Allen, Gardine | 0001 | MTC-00017676
Allen, Gary | 0001 | MTC-00005795
Allen, Grace | 0001 | MTC-00025364
Allen, J. C. | 0010 | MTC-00023702
Allen, Jack | 0003 | MTC-00032053
Allen, JC | 0008 | MTC-00025646
Allen, Jont | 0002 | MTC-00009996
Allen, Lee | 0002 | MTC-00001823
Allen, Nick | 0001 | MTC-00015485
Allen, P. J. | 0001 | MTC-00017258
Allen, Paul | 0001 | MTC-00008427
Allen, Peter | 0001 | MTC-00017847
Allen, Richard | 0001 | MTC-00003701
Allen, Roger | 0002 | MTC-00024758
Allen, Theodore J. | 0001 | MTC-00019580
Allen, Timothy | 0001 | MTC-00002426
Allen, William | 0001 | MTC-00006340
Allensworth, Billie | 0002 | MTC-00033474
Allenton, Joyce C. | 0001 | MTC-00025601
Alleva, Fil | 0002 | MTC-00028821
Allger, Thomas | 0001 | MTC-00020605
Allington, Keith | 0001 | MTC-00016485
Allinson, Robert | 0001 | MTC-00021761
Allison, Burgess | 0001 | MTC-00027766
Allison, Eric | 0001 | MTC-00017522
Allison, tim | 0001 | MTC-00029652
Allison, Tom | 0001 | MTC-00014888
Allman, Brenda | 0002 | MTC-00030248
Allpon, Helen | 0001 | MTC-00033070
Allred, Joe | 0002 | MTC-00000495
Allshouse, Keith | 0001 | MTC-00019811
Alohs, Barbara | 0001 | MTC-00007008
Alonzi, Joseph A. | 0001 | MTC-00010232
Alpern, Micah | 0004 | MTC-00018336
Alphonslarve@ aol.com | 0001 | MTC-00011899
Alpin, Gene | 0001 | MTC-00030979
Alsberg, Eric | 0001 | MTC-00009527
Alsee | 0003 | MTC-00000588
Alsirkeh | 0001 | MTC-00028280
Alsup, Fred | 0001 | MTC-00010525
Altaica, Panthera | 0001 | MTC-00018435
Altenburg, Bert | 0001 | MTC-00014052
Altier, Joseph P. | 0001 | MTC-00011689
Altman, Gary E. | 0002 | MTC-00028257
Altman, Marty | 0003 | MTC-00027709
Altotsky, Alexander | 0001 | MTC-00030797
Alustiza, Dan | 0001 | MTC-00003518
Alvanado, Brian J. | 0002 | MTC-00016574
Alvaradorivera, Antonio | 0001 | MTC-00016236
Alvarez, Bob | 0002 | MTC-00016169
Alwood, Robert | 0001 | MTC-00017838
Alyne | 0002 | MTC-00028812
Ambron, S. | 0001 | MTC-00015827
Ambrose, Greg | 0002 | MTC-00011082
Ambrose, Robert | 0001 | MTC-00001584
Ambrose, Tim | 0001 | MTC-00007622
Ambrosen, Anna Belle | 0001 | MTC-00007107
Amend, Bill | 0001 | MTC-00017388
Ames, Judy | 0002 | MTC-00008584
Ames, Scott | 0001 | MTC-00016888
Amesbury, Alan | 0002 | MTC-00023677
Amfahr, Jeff | 0001 | MTC-00015140
Amicon, Andrew | 0001 | MTC-00006811
Amidei, L. Neal | 0001 | MTC-00017279
Amies, Alex | 0001 | MTC-00010522
AMKELL4@ aol.com | 0001 | MTC-00007616
Ammer, Raymond | 0002 | MTC-00009875
Amster, Michael | 0001 | MTC-00023457
Anaya, Eugene | 0003 | MTC-00001243
Anchev, Andrew | 0001 | MTC-00025572
Anderson, Agnes | 0001 | MTC-00031143
Anderson, Anne | 0001 | MTC-00029866
Anderson, Arthur W. | 0001 | MTC-00009079
Anderson, Bradley | 0002 | MTC-00022518
Anderson, Cynthia T. | 0001 | MTC-00031141
Anderson, Dan | 0002 | MTC-00001100
Anderson, Dan | 0001 | MTC-00019363
Anderson, Dave | 0001 | MTC-00015463
Anderson, David | 0001 | MTC-00028397
Anderson, Dexter | 0002 | MTC-00004179
Anderson, Gary | 0001 | MTC-00008345
Anderson, Glenn | 0002 | MTC-00001172
Anderson, Harold | 0001 | MTC-00020898
Anderson, Jeff | 0001 | MTC-00018081
Anderson, Jim | 0002 | MTC-00033469
Anderson, Jim | 0002 | MTC-00026189
Anderson, Joe H., Jr. | 0001 | MTC-00033865
Anderson, John | 0003 | MTC-00027064
Anderson, John | 0001 | MTC-00001590
Anderson, John | 0001 | MTC-00029559
Anderson, John | 0001 | MTC-00026919
Anderson, John S. J. | 0001 | MTC-00019944
Anderson, Jon | 0001 | MTC-00004463
Anderson, Justin | 0001 | MTC-00017331
Anderson, Keith | 0002 | MTC-00016957
Anderson, Ken | 0001 | MTC-00003990
Anderson, Kevin | 0001 | MTC-00003728
Anderson, Kurt | 0001 | MTC-00018406
Anderson, Kyle | 0001 | MTC-00012860
Anderson, Larry | 0001 | MTC-00025702
Anderson, Louise | 0001 | MTC-00030101
Anderson, Mark R. | 0001 | MTC-00015768
Anderson, Marv | 0002 | MTC-00022952
Anderson, Marvin V. | 0001 | MTC-00030731
Anderson, Melbourne | 0003 | MTC-00028266
Anderson, Michael L. | 0001 | MTC-00013948
Anderson, Michael P. | 0002 | MTC-00000836
Anderson, Mike | 0001 | MTC-00027740
Anderson, Mike | 0001 | MTC-00010195
Anderson, Mitch | 0005 | MTC-00024609
Anderson, Mitch | 0001 | MTC-00026894
Anderson, Nicki | 0001 | MTC-00027300
anderson, Peter | 0006 | MTC-00028581
Anderson, Peter M. | 0002 | MTC-00014491
Anderson, Peter T. | 0001 | MTC-00027244
Anderson, Phillip | 0001 | MTC-00020114
Anderson, Randy | 0001 | MTC-00002719
Anderson, Richard | 0001 | MTC-00021681
Anderson, Robert | 0002 | MTC-00010943
Anderson, Robert W. | 0001 | MTC-00030127
Anderson, Ryon | 0001 | MTC-00017951
Anderson, Scott | 0001 | MTC-00000323
Anderson, Seth | 0001 | MTC-00024312
Anderson, Shelley | 0001 | MTC-00005103
Anderson, Steve | 0001 | MTC-00027899
Anderson, Steve | 0001 | MTC-00006523
Anderson, Tim | 0002 | MTC-00022495
Anderson, Travis | 0001 | MTC-00016990
Anderson, Wayne | 0002 | MTC-00031639
Anderssen, Jason | 0002 | MTC-00004191
Andrachek, mark R. | 0001 | MTC-00015320
Andrade, Carlos | 0002 | MTC-00027813
Andrade, Daniel | 0002 | MTC-00013909
Andre, Bob | 0001 | MTC-00006551
Andres, Clay | 0001 | MTC-00000690
Andresen, Albert | 0001 | MTC-00030530
Andrew, Patricia | 0001 | MTC-00008389
Andrews, Bob | 0002 | MTC-00003538
Andrews, Daniel | 0002 | MTC-00023630
Andrews, Eric | 0002 | MTC-00031620
Andrews, George | 0001 | MTC-00030992
Andrews, John | 0001 | MTC-00004919
Andrews, Marcia | 0001 | MTC-00005904
Andrews, Patricia | 0001 | MTC-00030833
Andrews, Sarah W. | 0001 | MTC-00005164
Andymo13 | 0001 | MTC-00027797
Anfinrud, David | 0002 | MTC-00023916
Anfinrud, David | 0002 | MTC-00033399
Angel, Mick | 0001 | MTC-00020320
Angelico, John | 0001 | MTC-00018823
Angelova, Anna | 0001 | MTC-00013440
Angielski, J effrey | 0001 | MTC-00015146
Angioletti, Thomas | 0001 | MTC-00011081
Angrisano, Frank | 0001 | MTC-00008209
Angue, Darcy James | 0001 | MTC-00025357
Anichini, Steve | 0002 | MTC-00015637
Ankeny, Rodney | 0001 | MTC-00001897
Anker, Bernard | 0001 | MTC-00005463
ann.reid@
thomsonlearning.com | 0001 | MTC-00007745
Anonymous | 0001 | MTC-00008918
Anrango, Robert | 0002 | MTC-00028851
Ansaldo, Rob | 0001 | MTC-00014921
Ansbro, Catherine | 0002 | MTC-00008095
Anspach, Jeremiah | 0001 | MTC-00015863
Anthony, Jude | 0001 | MTC-00015334
Antkoviak, Deborah | 0001 | MTC-00010964
Antkoviak, Deborah | 0001 | MTC-00032131
Antolak, Kahtleen | 0001 | MTC-00006825
Antonelli, Dean | 0001 | MTC-00019362
Antonelli, Dean | 0001 | MTC-00020293
Antram, John | 0002 | MTC-00023935
Anvin, H. Peter | 0003 | MTC-00027157
Anwar, Majid | 0001 | MTC-00020428
AON Consulting | 0001 | MTC-00030870
Apa, Kenneth | 0001 | MTC-00016889
Apathy7@
blackened.com | 0001 | MTC-00019926
Apland, Ken | 0001 | MTC-00027048
Appe, Michael | 0001 | MTC-00024338
Appel, Alisan S. | 0001 | MTC-00014783
Appel, Leoanrd | 0001 | MTC-00015420
Applebaum, Jim | 0001 | MTC-00013407
Applebaum, Jim | 0001 | MTC-00008071
Appleman, Gordon | 0001 | MTC-00007811
Appleman, Gordon | 0001 | MTC-00019387
Apu, Peter | 0001 | MTC-00000760
Arakelian, Ken | 0001 | MTC-00002808
Aranian, C. Scott | 0001 | MTC-00027996
Arcand, Garnett | 0001 | MTC-00007359
archangel525252@
hotmail.com | 0001 | MTC-00028181
Arcilla, Ryan | 0001 | MTC-00012060
Ard, Fran | 0001 | MTC-00019646
Ard, Jonathan | 0001 | MTC-00018102
Arden, Michelle | 0001 | MTC-00022133
Ardill, Robert | 0001 | MTC-00009101
Ardis, Robert B. | 0001 | MTC-00006269
Arean,, Victor | 0002 | MTC-00030168
Aresty, Jamie | 0001 | MTC-00000478
Argo, Rich W. | 0003 | MTC-00028333
Argo, Wesley | 0001 | MTC-00031398
Arick, Michael | 0001 | MTC-00003973
Arkle, Dave | 0001 | MTC-00024161
Arky, Ron | 0001 | MTC-00006316
arlanbarber@ juno.com | 0001 | MTC-00010331
Arman, Lasey | 0001 | MTC-00013478
Armbuster, Rene | 0001 | MTC-00029776
Armfield, Reginald L. | 0001 | MTC-00030183
Armijo, Barbara | 0001 | MTC-00022520
Armour, David | 0001 | MTC-00004641
Armour, David | 0002 | MTC-00004644
Armour,Theo | 0001 | MTC-00026089
Armstrong, Bob | 0001 | MTC-00016493
Armstrong, Bruce | 0001 | MTC-00016825
Armstrong, Chris | 0003 | MTC-00024196
Armstrong, Christopher | 0001 | MTC-00018402
Armstrong, Greg | 0001 | MTC-00018340
Armstrong, Lillian | 0001 | MTC-00032020
Armstrong, Linda | 0001 | MTC-00001520
Armstrong, Steven | 0006 | MTC-00000951
Arndt, Michael D. | 0001 | MTC-00007634
Arndt, Paul | 0002 | MTC-00018066
Arnett, Douglas B. | 0001 | MTC-00025518
arnobob@ juno.com | 0001 | MTC-00010431
Arnold, Andrew | 0001 | MTC-00000661
Arnold, Andrew | 0001 | MTC-00001732
Arnold, Beverly | 0001 | MTC-00006463
Arnold, Ed | 0001 | MTC-00006566
Arnold, Eli | 0001 | MTC-00027461
Arnold, Gerald and Judith | 0001 | MTC-00002622
Arnold, Gerald and judith | 0001 | MTC-00009975
Arnold, John | 0001 | MTC-00007876
Arnold, Kenneth | 0002 | MTC-00027298
Arnold, Patricia | 0001 | MTC-00030990
Arnold, Perry | 0001 | MTC-00008742
Arnold, Ralph | 0001 | MTC-00003555
Arnold, Sally | 0001 | MTC-00011728
Arnold, Troy | 0001 | MTC-00023774
Arnold, William | 0001 | MTC-00003606
Arnold, Zach | 0001 | MTC-00004600
ArnoldFS@ aol.com | 0001 | MTC-00005745
Arnow, Peter M. | 0001 | MTC-00001337
Arnstein, James | 0002 | MTC-00010324
Arona, Vincent | 0001 | MTC-00008578
Aronchick, David | 0001 | MTC-00017175
Arora, Anvj | 0001 | MTC-00014990
Arora, Sunil K. | 0001 | MTC-00031762
arosen@ microsoft.com | 0001 | MTC-00024272
Arral, Shaun | 0001 | MTC-00004890
Arras, John Robert | 0002 | MTC-00016145
Arrett, Richard A. | 0001 | MTC-00008163
Arrison, Sonia | 0003 | MTC-00024655
Arromdee, Ken | 0002 | MTC-00026956
Arroyo, Hector | 0001 | MTC-00019769
Arsenalt, Chris | 0002 | MTC-00028301
Arszyla, Edward | 0003 | MTC-00009710
Arthur, Goerge | 0001 | MTC-00030203
Artiss, Frederic L. | 0001 | MTC-00009001
Artom-Ginzburg, Lionel | 0001 | MTC-00018159
Arumugham, Vinu | 0001 | MTC-00017945
Asbury, Charles M. | 0001 | MTC-00008455
aschlackman@
nyc.rr.com | 0001 | MTC-00013454
Ash, Gabriel | 0002 | MTC-00019889
Ash, Hank | 0001 | MTC-00005640
Ash, Patrick | 0001 | MTC-00022332
Ashbaugh, james F. | 0001 | MTC-00007916
Ashbrenner, Jane | 0001 | MTC-00007578
Ashby, Dave | 0001 | MTC-00028395
Ashe0McNalley, Cody | 0002 | MTC-00027505
Ashendorf, Linda | 0001 | MTC-00031360
Ashendorf, William and Levine, Phil | 0002 | MTC-00032081
Asher, Walt | 0002 | MTC-00024745
Ashford, Paul | 0001 | MTC-00002658
Ashford, Paul | 0002 | MTC-00010670
Ashley, Allen | 0001 | MTC-00014861
Ashley, Beverly | 0001 | MTC-00017886
Ashmun, Ray | 0001 | MTC-00004587
Ashurst, Richard | 0002 | MTC-00029914
Askam, Ralph | 0002 | MTC-00033674
Askam, Ralph | 0001 | MTC-00008062
Asleson, Tony | 0001 | MTC-00015739
asmussen, Bob | 0002 | MTC-00007750
aspinwall@
btintimeny.com | 0001 | MTC-00024043
Asplund, Matthew | 0001 | MTC-00016486
Assal, Christina | 0001 | MTC-00020543
Ata, John G. | 0001 | MTC-00029274
Atchison, Ryan | 0001 | MTC-00007111
atg@ pobox.com | 0001 | MTC-00013343
Athayde, John | 0002 | MTC-00023725
Atherton, Jay | 0001 | MTC-00005758
Atkeson, John | 0001 | MTC-00022030
Atkins, Chris | 0001 | MTC-00031163
Atkins, David | 0001 | MTC-00014425
Atkins, Jim | 0001 | MTC-00029689
Atkins, Matt | 0001 | MTC-00020013
Atkins, William D. | 0001 | MTC-00009463
Atkinson, Dan | 0001 | MTC-00016998
Atkinson, Donald V. | 0001 | MTC-00006068
Atkinson, Roger | 0001 | MTC-00018226
Atkisson, Mary | 0001 | MTC-00015628
attilioserafini | 0001 | MTC-00014010
Attwood, Dave | 0001 | MTC-00003117
Aubert, Nick | 0001 | MTC-00016542
Aubrey, George | 0001 | MTC-00007726
Aubuchon, Stephen | 0001 | MTC-00020895
Auer, Anthony | 0001 | MTC-00025253
AUerbach, karl | 0002 | MTC-00011203
Aufenkamp, Ernie | 0001 | MTC-00012040
August, John | 0001 | MTC-00016490
Augustine, Bradford | 0001 | MTC-00006127
Auld, Philip | 0001 | MTC-00016806
Aulenbacher, Dennis | 0001 | MTC-00006796
Ault, Jim | 0001 | MTC-00023159
Aumerta, Albert | 0001 | MTC-00004088
Aune, Joshua | 0001 | MTC-00018492
Aunger, Charles | 0002 | MTC-00027185
Auotin, James | 0004 | MTC-00033529
Auron, Jessie | 0001 | MTC-00008605
Ausbond, William L. | 0001 | MTC-00001858
Aust, Peter | 0001 | MTC-00032060
Austin | 0001 | MTC-00018733
Austin, Allen | 0002 | MTC-00025577
Austin, Dennis | 0001 | MTC-00026143
Austin, Kent | 0001 | MTC-00029672
Austin, Myron | 0001 | MTC-00033711
auto29727@ hushmail.com | 0001 | MTC-00000688
Aveni, Christopher | 0001 | MTC-00008407
Averkiou | 0001 | MTC-00005885
Avers, Christine E. | 0001 | MTC-00006624
Avila, Manuel H. | 0001 | MTC-00022914
Aviles, Ramon | 0002 | MTC-00019817
Avperrella@ aol.com | 0001 | MTC-00008866
Ayala, David | 0001 | MTC-00008264
Ayala, Dietrich | 0001 | MTC-00003643
Aycock, Shannon | 0001 | MTC-00033866
Ayer, Amelia | 0001 | MTC-00025139
Ayers, Linda | 0001 | MTC-00032706
Ayers, Marilyn | 0001 | MTC-00029555
Ayers, Roger | 0001 | MTC-00004501
Azadian, Norman | 0001 | MTC-00004049
Azaroff, Andre | 0001 | MTC-00010844
AznGuy7758@ aol.com | 0002 | MTC-00004042
Azzara, Todd | 0001 | MTC-00024812
Baakkonen, Rodney | 0001 | MTC-00024215
Babcock, Jon | 0001 | MTC-00002486
Babcock, Larry | 0001 | MTC-00005095
Babcock, Nathan | 0002 | MTC-00008919
Babercheck, Thomas | 0001 | MTC-00031196
Babo, Don | 0001 | MTC-00009968
Babu, Immanuel | 0001 | MTC-00004738
Baccus, Erin | 0001 | MTC-00013413
Bace, Chuck | 0001 | MTC-00013487
Bach, James | 0002 | MTC-00008933
Bach, Steven | 0001 | MTC-00004711
Bacher, David | 0002 | MTC-00025379
Bachmann, Jeremiah | 0001 | MTC-00018224
Bachmann, Mary | 0001 | MTC-00028500
Backes, Michael | 0002 | MTC-00027592
Backman, Will | 0001 | MTC-00015720
Backstrom, Kent W. | 0001 | MTC-00013618
Baczynski, Marcia | 0001 | MTC-00016378
Baehr, Richard | 0001 | MTC-00005897
Baer, Troy | 0003 | MTC-00017953
Baeseman, Cliff | 0001 | MTC-00015523
Baffoni, Michael | 0001 | MTC-00002799
Bager, James | 0001 | MTC-00016253
Baggett, Douglas | 0001 | MTC-00002718
Baggett, Eric T. | 0001 | MTC-00009577
Bagierek, Katy | 0001 | MTC-00012867
Bagley, Rick | 0001 | MTC-00029990
Bagwell, Ckiford | 0001 | MTC-00030201
Bagwell, Roger | 0001 | MTC-00028070
Bahr, Carman B. | 0001 | MTC-00006682
Bahr, Hubert | 0001 | MTC-00003235
Baietto, Jason | 0002 | MTC-00026490
Bailey, Belinda K. | 0001 | MTC-00007489
Bailey, Bruce | 0001 | MTC-00004098
Bailey, E. Jerry | 0003 | MTC-00026492
Bailey, Eric | 0001 | MTC-00001585
Bailey, Jason | 0002 | MTC-00016399
Bailey, Kendall | 0001 | MTC-00003379
Bailey, Kevin | 0001 | MTC-00024429
Bailey, Lois | 0001 | MTC-00006973
Bailey, Mark | 0001 | MTC-00022532
Bailey, Roger | 0002 | MTC-00023317
Bailey, Roger | 0002 | MTC-00023315
Bailey, Ruffin | 0001 | MTC-00028784
Bailey, Timothy | 0002 | MTC-00014169
Bailey, Trey | 0001 | MTC-00005940
Bain, Daniel | 0001 | MTC-00014069
Bain, James | 0001 | MTC-00028985
Bain, Robert | 0001 | MTC-00020193
Bainbridge, Robert P. | 0001 | MTC-00027495
bair, Gregg | 0001 | MTC-00029154
Bairamian, A. | 0001 | MTC-00005399
Bairamian, A. | 0001 | MTC-00007734
Baird, Charles | 0001 | MTC-00031979
Baird, Roger | 0001 | MTC-00007760
Baird, Scot | 0001 | MTC-00015609
Baitalmal, Ahmad | 0001 | MTC-00019246
Baka, Shaun | 0001 | MTC-00003768
Baker, Bennett C. | 0001 | MTC-00015458
Baker, Bill | 0001 | MTC-00027877
Baker, Bill | 0002 | MTC-00021614
Baker, Bryan | 0002 | MTC-00020052
baker, Dewitt Clinton | 0001 | MTC-00006842
Baker, Don G. | 0001 | MTC-00030502
Baker, Greg | 0002 | MTC-00014994
Baker, Greg | 0001 | MTC-00004506
Baker, James W. | 0001 | MTC-00007405
Baker, James W. | 0001 | MTC-00013445
Baker, John & Janet | 0001 | MTC-00030368
Baker, John & Janet | 0001 | MTC-00030353
Baker, John L. | 0001 | MTC-00014788
Baker, Ken | 0001 | MTC-00016534
Baker, Kevin | 0001 | MTC-00015615
Baker, Mark | 0001 | MTC-00029251
Baker, Mitchell | 0002 | MTC-00027390
Baker, Rex | 0002 | MTC-00031797
Baker, Ross | 0001 | MTC-00004215
Baker, Shane | 0001 | MTC-00018486
Baker, Steve | 0002 | MTC-00023750
baker, Stewart | 0001 | MTC-00023467
Baker, Timothy | 0001 | MTC-00031376
Bakerla, Mike | 0001 | MTC-00015565
Bakhas, Stephane | 0001 | MTC-00019960
Bakhtiari, Shadi | 0002 | MTC-00031675
Bakken, Bridget | 0001 | MTC-00007161
Bakstad, Daniel | 0001 | MTC-00032881
Bakstran, Annette | 0001 | MTC-00011554
Baky'r, Goskin | 0001 | MTC-00023999
Balakrishnan, Malini | 0001 | MTC-00012071
Balalrd, Tom B. | 0001 | MTC-00014787
Balar53@ aol.com | 0001 | MTC-00008329
Balbona, Joe | 0001 | MTC-00000126
Balbona, Joe | 0001 | MTC-00002522
Balboni, Henry | 0001 | MTC-00030778
Baldasare, Michael | 0001 | MTC-00030081
Baldwin, Andrew | 0003 | MTC-00005117
Baldwin, Claude | 0002 | MTC-00030710
Baldwin, Ron | 0002 | MTC-00027429
Bale, Dwight | 0001 | MTC-00005148
Bales, Jennifer | 0001 | MTC-00001325
Balfour, Scott | 0001 | MTC-00020092
Balian, Rick | 0001 | MTC-00028426
Balister, Philip | 0001 | MTC-00015904
Ball Euel | 0001 | MTC-00013845
Ball, Andrew | 0002 | MTC-00017010
Ball, Anne | 0001 | MTC-00010152
Ball, Gilbert | 0001 | MTC-00020897
Ball, Jay | 0002 | MTC-00016138
Ball, Mark | 0001 | MTC-00033432
Ball, Robert J. | 0001 | MTC-00027041
Ballard Bob | 0001 | MTC-00006571
Ballard, Jeff | 0001 | MTC-00007868
Ballard, Scot | 0002 | MTC-00003600
Ballard, Stonewall | 0001 | MTC-00001801
Balle, Maya | 0001 | MTC-00030174
Ballenthin, John O. | 0001 | MTC-00020485
Ballertime, John D. III | 0001 | MTC-00016356
Ballew, Lawrence | 0001 | MTC-00026464
Ballinger, Alvina A. | 0001 | MTC-00006251
Ballweber, Robert | 0001 | MTC-00028637
Balsam, Jack | 0001 | MTC-00023326
Balsinger, Frank | 0001 | MTC-00004207
Balsley, Linda | 0001 | MTC-00013633
Balthaser, Jacqueline M. | 0001 | MTC-00006458
Baltz, Patrick | 0001 | MTC-00020371
Bamford, Bobbie | 0001 | MTC-00013111
Bamford, Bobbie | 0001 | MTC-00026905
Bamrick, Bob and Helen | 0002 | MTC-00014035
Ban, Roger | 0001 | MTC-00031397
Bance, Dan | 0001 | MTC-00000197
Bancroft, Larry | 0001 | MTC-00008470
Bane, Lee | 0001 | MTC-00004553
Bane, Rita | 0002 | MTC-00031410
Bane, Rita | 0001 | MTC-00031318
Bane, Robert | 0001 | MTC-00015896
Banet, Michael | 0001 | MTC-00003962
Baney, Michael | 0001 | MTC-00007181
Banford, Yvonne | 0001 | MTC-00007413
Bank, Brian | 0001 | MTC-00031941
Bank, Thomas | 0002 | MTC-00004932
Banker, Sebastian | 0001 | MTC-00015503
Banks, David | 0001 | MTC-00031706
Banna, Waji | 0001 | MTC-00031589
Bannazedeh, Arash | 0001 | MTC-00003120
Bannow, Nathan | 0001 | MTC-00018370
Banuk, Garrett | 0001 | MTC-00015083
Banyacki, Michael E. | 0001 | MTC-00006213
Baoon, Cathy | 0001 | MTC-00030486
Barak | 0001 | MTC-00019607
Baran, Ed | 0001 | MTC-00031694
Baran, Michael S. | 0001 | MTC-00023181
Baraneetharan | 0001 | MTC-00005243
Barba, Edward S. | 0011 | MTC-00030893
Barba, Susan | 0001 | MTC-00008207
Barba, Susan | 0001 | MTC-00033713
Barba, Susan V. | 0001 | MTC-00006680
Barback, David | 0001 | MTC-00012609
Barbara, David | 0001 | MTC-00019841
Barbercheck, Thomas J. | 0001 | MTC-00008736
Barbieri, R. Douglas | 0001 | MTC-00011189
Barbo, Roger | 0001 | MTC-00007093
Barbour, Charles | 0003 | MTC-00014362
Barclay, Abbott | 0001 | MTC-00008038
Barclay, Thomas M | 0010 | MTC-00033717
Bardeen, Matt | 0002 | MTC-00024004
Barden, Jerome C. | 0001 | MTC-00026832
Barder, David R. | 0001 | MTC-00016388
Bardes, Bruce | 0001 | MTC-00002403
Bardusch, Ted | 0001 | MTC-00018008
Bare, Chris | 0001 | MTC-00019027
Bare, Christopher | 0001 | MTC-00018656
Bare, Heather G. | 0001 | MTC-00011597
Barfield, Glenn | 0001 | MTC-00014641
Barganna, Nate | 0002 | MTC-00027091
Barger, Jamew | 0001 | MTC-00013363
Barger, Jeff | 0002 | MTC-00016714
Barger, Richard w. | 0002 | MTC-00031560
Bargmeyer, Alan | 0001 | MTC-00010262
Baribault, Gary | 0001 | MTC-00002830
Baringer, Marco | 0001 | MTC-00014926
Barker, Granville | 0001 | MTC-00023469
Barker, Philip | 0002 | MTC-00009568
Barker, Raymond L. | 0002 | MTC-00029791
Barker, Wayne | 0002 | MTC-00016233
Barkley, Jim | 0001 | MTC-00015584
Barkman, Jacob J. | 0001 | MTC-00010160
Barksdale, Edwin | 0001 | MTC-00029760
Barkus, Rodger | 0001 | MTC-00029265
Barline, John | 0001 | MTC-00011561
Barling, Roy | 0001 | MTC-00027856
Barlow, Donald E. | 0003 | MTC-00028489
Barmon, Matthew | 0001 | MTC-00019011
Barne, Darlene | 0001 | MTC-00030787
Barnes, Alex | 0001 | MTC-00000134
Barnes, Bill | 0001 | MTC-00029872
Barnes, Douglas | 0012 | MTC-00016095
Barnes, Erin | 0001 | MTC-00027819
Barnes, Greg | 0004 | MTC-00014442
Barnes, Michael | 0001 | MTC-00003594
Barnes, Michael | 0001 | MTC-00019121
Barnes, Oliver | 0001 | MTC-00025019
Barnes, Phillip | 0001 | MTC-00013846
Barnes, Richard | 0002 | MTC-00006351
Barnes, Stan | 0002 | MTC-00020746
Barnes, Steve | 0001 | MTC-00009138
Barnett, George | 0001 | MTC-00010948
Barnett, Kay | 0001 | MTC-00006095
Barney, Bill | 0001 | MTC-00025540
Barney, Joshua | 0002 | MTC-00009972
Barnhart, Bill | 0002 | MTC-00010966
Barnhart, Bill | 0001 | MTC-00031399
Barnhart, Jef | 0001 | MTC-00016612
Barnhart, Jeffrey | 0001 | MTC-00029654
Barnhill, William David | 0001 | MTC-00022150
Barnum, Richard | 0002 | MTC-00000367
Baron, Elmer F. | 0001 | MTC-00025296
Baron, Julie | 0001 | MTC-00008066
Baron, Werner | 0001 | MTC-00010361
Barone, Larry | 0002 | MTC-00026234
Barov, Nikolai | 0001 | MTC-00017781
Barow, Bernard | 0001 | MTC-00007141
Barr, Herbert A. | 0001 | MTC-00008210
Barr, Joe | 0002 | MTC-00027217
Barr, Matthew | 0001 | MTC-00023434
Barr, Terrence | 0002 | MTC-00011272
Barr, Travis | 0002 | MTC-00027364
Barraclough, Marjorie | 0002 | MTC-00033489
Barren, Donnie | 0001 | MTC-00007812
Barrere, Dean | 0001 | MTC-00027764
Barrett, Bradford | 0001 | MTC-00029239
Barrett, Harry | 0001 | MTC-00018117
Barrett, Mike | 0002 | MTC-00023504
Barrett, Myles | 0001 | MTC-00020182
Barrett, Richard | 0001 | MTC-00023081
Barrilleaux, Charles | 0001 | MTC-00015125
Barrington, Stephen | 0001 | MTC-00033730
Barron, Oz | 0002 | MTC-00001424
Barron, Patrick | 0001 | MTC-00031753
Barrow, Lori | 0001 | MTC-00031496
Barrows, Ames | 0001 | MTC-00003796
Barry, Byron | 0001 | MTC-00001573
Barry, John | 0001 | MTC-00006787
Barry, Michael | 0001 | MTC-00012529
Barsano, Edward | 0001 | MTC-00026347
Barsano, Edward | 0001 | MTC-00028223
Bart Grantham | 0002 | MTC-00019749
Bart, Jack | 0002 | MTC-00031483
Barth, Paul F. | 0001 | MTC-00006265
Bartholomew, Andrew S. | 0001 | MTC-00024096
Bartholomew, Austin | 0001 | MTC-00031511
Bartholomew, Gary A. | 0005 | MTC-00006301
Bartle, Mirin and Thomas | 0001 | MTC-00013706
Bartlett, Aaron J. | 0003 | MTC-00000166
Bartlett, Homer | 0001 | MTC-00019061
Bartley, Eugene | 0001 | MTC-00019927
Bartley, Michael | 0001 | MTC-00028453
Barto, David | 0001 | MTC-00001557
Barto, Michael | 0001 | MTC-00001754
Barton, Brett | 0002 | MTC-00017555
Barton, Doran L. | 0001 | MTC-00003644
Barton, Earl | 0001 | MTC-00025490
Barton, Scott | 0001 | MTC-00009125
Barton, Tin | 0001 | MTC-00027472
Bartorillo, Sebatian | 0001 | MTC-00030236
Bartucz, Tonya | 0005 | MTC-00030070
Bartz, Scott | 0001 | MTC-00002313
Baruch, Robert | 0002 | MTC-00017167
barzelay, David | 0001 | MTC-00018808
Basart, L.M. | 0001 | MTC-00024396
Basham, John | 0001 | MTC-00007880
Basham, John | 0001 | MTC-00031555
Basham, Phil | 0001 | MTC-00008869
Basham, Timothy E. | 0001 | MTC-00015552
Bashniski, Jerome | 0001 | MTC-00005263
Basinger, Caleb | 0001 | MTC-00024871
Baskett, Ferol and Joan | 0002 | MTC-00033440
Baskett, Jean | 0001 | MTC-00025141
Baskin, Maureen | 0002 | MTC-00028836
Bass, Brandon | 0001 | MTC-00023445
Bass, Edward C. | 0001 | MTC-00007355
Bass, Matthew | 0002 | MTC-00020121
Bass, Thomas J. | 0001 | MTC-00003642
Bass, WIllard | 0001 | MTC-00009943
Bassett, Keith B. | 0002 | MTC-00024449
Bast, Noah | 0001 | MTC-00015826
Bastille, Derek | 0002 | MTC-00017902
Basubacher, Peter | 0001 | MTC-00030112
Batchelder, Michael | 0001 | MTC-00027481
Batchelder, Michael | 0001 | MTC-00033553
Batchelder, Orvella | 0001 | MTC-00026538
Batchellor, Gary | 0001 | MTC-00003848
Bates, Don | 0001 | MTC-00012157
Bates, Lawrence A. | 0001 | MTC-00013767
Bates, Marion | 0002 | MTC-00018563
Battle, Michael | 0002 | MTC-00018885
Batty, Aaron | 0001 | MTC-00012537
batvomit | 0001 | MTC-00026985
Bauch, Helen | 0002 | MTC-00028360
Baudrand, Donald | 0001 | MTC-00005775
Bauer, Adam | 0002 | MTC-00024403
Bauer, Brian A. | 0001 | MTC-00023415
Bauer, Dave | 0001 | MTC-00016803
Bauer, Donald | 0001 | MTC-00028528
Bauer, G. | 0001 | MTC-00006061
Bauer, James | 0001 | MTC-00007964
Bauer, James E. | 0001 | MTC-00003943
Bauer, Will | 0001 | MTC-00024078
Bauguss, Josh | 0002 | MTC-00018089
Bauhann, Maurice | 0001 | MTC-00002908
Baum, Bob | 0002 | MTC-00032016
Baum, Mark Adam | 0002 | MTC-00018849
Bauman, Nick | 0002 | MTC-00018253
Baumann, Richard H. | 0001 | MTC-00009957
Baumgart, David | 0001 | MTC-00011231
Bauno, Simone | 0001 | MTC-00005968
Baur, David | 0002 | MTC-00011352
Baur, Ralph | 0001 | MTC-00007846
Baxley, Nate | 0001 | MTC-00015259
Baxley, Randall | 0001 | MTC-00029797
Baxter, Chris | 0001 | MTC-00015349
Baxter, Frank | 0001 | MTC-00010896
Baxter, Ivan | 0001 | MTC-00012722
Baxter, Jim | 0001 | MTC-00007248
Baxter, Lincoln A. | 0001 | MTC-00003077
Baxter, Pete | 0002 | MTC-00013787
Bay-Ramyon, Richard | 0001 | MTC-00020866
Bayer, Christian | 0001 | MTC-00010842
Bayer, Christine | 0001 | MTC-00000329
Bayer, Clete | 0001 | MTC-00011450
Bayer, Richard | 0001 | MTC-00029788
Bayes, Joe | 0001 | MTC-00017989
Bazaj, Suresh | 0002 | MTC-00019085
Bazzani, Nicholas | 0002 | MTC-00003380
bbradley@
cybersol.com | 0001 | MTC-00012746
Bdenziger, Mark | 0001 | MTC-00029486
BDS4530@ aol.com | 0001 | MTC-00007947
Beach, Joe | 0002 | MTC-00000642
Beachy, Chris | 0001 | MTC-00015288
Beagley, Alan | 0001 | MTC-00018025
Beahm, David | 0001 | MTC-00022386
Beal, Jim | 0001 | MTC-00023299
Beal, Ken | 0002 | MTC-00019133
Beales, James A.G. III | 0002 | MTC-00031454
Beamon, John | 0002 | MTC-00016092
Bean, Gary | 0001 | MTC-00029897
Bean, Gary A. | 0001 | MTC-00030490
Beane, Scott | 0001 | MTC-00002810
Beard, Homer | 0002 | MTC-00031844
Beard, Leonard | 0001 | MTC-00029715
Beard, Richard | 0001 | MTC-00002553
Beard, Steven | 0002 | MTC-00012413
Bearden, Carl | 0001 | MTC-00028723
Beardsley, Helen | 0001 | MTC-00030995
Beardsley, Kathy | 0001 | MTC-00011619
Beardsley, Russell | 0001 | MTC-00030994
Bearers, Keith | 0001 | MTC-00008507
Beasley, Jason | 0001 | MTC-00018549
Beasley, John | 0001 | MTC-00006806
Beaton, Stuart | 0001 | MTC-00016961
Beatson, John A. | 0001 | MTC-00028909
Beattie, Brian | 0001 | MTC-00001214
Beattie, Brian | 0001 | MTC-00025298
Beattie, Chris | 0001 | MTC-00016064
Beattie, Russell | 0001 | MTC-00016892
Beattie, Trevin | 0001 | MTC-00016969
Beatty, Michael | 0001 | MTC-00025674
Beatty, Michael | 0002 | MTC-00026527
Beaudoin, Bob | 0001 | MTC-00008246
Beaudry, Carl | 0001 | MTC-00015782
Beaudry, Jack | 0001 | MTC-00014485
Beaulieu, Denis | 0001 | MTC-00032021
Beausang, David | 0001 | MTC-00027980
Beaver, Catherine | 0001 | MTC-00025266
Beaver, Simon | 0005 | MTC-00026050
Beavers, Keith | 0001 | MTC-00027487
Beck, Carl | 0001 | MTC-00029709
Beck, Dana | 0001 | MTC-00006289
Beck, Gerhard | 0001 | MTC-00011247
Beck, John F. | 0001 | MTC-00006295
Beck, Jonathan | 0001 | MTC-00006755
Beck, Ron | 0001 | MTC-00006326
Becka, Zdenek | 0001 | MTC-00025996
Becker III, Anthony J. | 0001 | MTC-00023476
Becker, Jesse | 0001 | MTC-00019864
Becker, John and Bonny | 0001 | MTC-00031674
Becker, Michael | 0001 | MTC-00007333
Becker, Richard | 0001 | MTC-00010606
Becker, Richard J. | 0001 | MTC-00023761
Becker, Rick | 0001 | MTC-00008505
Becker, Robert | 0002 | MTC-00016451
Beckert, Richard D. | 0001 | MTC-00008127
Becnel, James | 0001 | MTC-00003823
Beddingfield, Bob | 0002 | MTC-00029794
Beddow, Gail | 0002 | MTC-00022597
Bednar, Gregory | 0001 | MTC-00031067
Bednara, Chris | 0002 | MTC-00018162
Bednarik, Patricia | 0001 | MTC-00031771
Bednowicz, Mike | 0001 | MTC-00017009
Beekman, George | 0001 | MTC-00004583
Beel, Ted | 0001 | MTC-00026831
Beelby, Christopher Mark | 0002 | MTC-00019798
Beene, Jeff | 0001 | MTC-00015771
Beene, Robert | 0001 | MTC-00005609
Beer, David | 0001 | MTC-00030965
Beers, Michael | 0001 | MTC-00007658
Beers, Richard A. | 0001 | MTC-00007909
Beeth, Don | 0001 | MTC-00022475
Beggy, chris | 0001 | MTC-00019443
Beglinger, Jack | 0003 | MTC-00025880
Begole, James M. A. | 0002 | MTC-00026457
Begonja, Tony | 0001 | MTC-00002085
Begonja, Tony | 0001 | MTC-00013980
Behel, Lee | 0001 | MTC-00011368
Behlert, Marion | 0001 | MTC-00000606
Behlert, Marion | 0001 | MTC-00008874
Behn, Kurtis | 0001 | MTC-00012709
Behrens, Dennis | 0001 | MTC-00011028
Behrens, Kathleen | 0001 | MTC-00014482
Behrens, Siegfried | 0002 | MTC-00001062
Behtash, Behzad | 0001 | MTC-00011472
Beidelman, John | 0001 | MTC-00004476
Beier, Ernest and Carlette | 0001 | MTC-00014715
Beirke, Carolyn | 0001 | MTC-00009700
Beito, Matthew A. | 0001 | MTC-00020012
Beitscher, Seymour | 0002 | MTC-00009750
Bej, Mark | 0001 | MTC-00004980
Bejer, Thaddeus | 0001 | MTC-00015651
Bekas, John | 0002 | MTC-00004607
Belanger, Mark | 0001 | MTC-00002454
Belflower, Peggy | 0001 | MTC-00029206
Belkin, Larry | 0001 | MTC-00001012
Bell, Clyde | 0001 | MTC-00026912
Bell, Gail | 0001 | MTC-00012547
Bell, Jenny E. | 0001 | MTC-00013766
Bell, Jon | 0001 | MTC-00024833
Bell, Kenny | 0002 | MTC-00031302
Bell, Max | 0001 | MTC-00014902
Bell, R.P. | 0002 | MTC-00013805
Bell, Scott | 0002 | MTC-00023145
Bell, Sean | 0001 | MTC-00012818
Bell, Terry | 0002 | MTC-00031727
Bell, Timothy A. | 0001 | MTC-00005187
Bell, Wayne | 0001 | MTC-00000508
Bellamy, Joanne | 0001 | MTC-00031779
Bellamy, Marvin | 0001 | MTC-00017809
Bellamy, William | 0001 | MTC-00029625
Belland, Jack | 0001 | MTC-00004835
Beller, Bob | 0001 | MTC-00000679
Bellin, Thomas | 0001 | MTC-00015837
Bellinder, Sioux | 0001 | MTC-00016252
Bellinger, Nick | 0003 | MTC-00014822
Bellmore, Manny | 0001 | MTC-00006555
Bellve, Karl | 0001 | MTC-00016664
Belnap, Mark | 0001 | MTC-00017159
belob@ juno.com | 0001 | MTC-00008321
Belomestnov, Anatolli | 0001 | MTC-00000380
Belser, Dave | 0001 | MTC-00027336
Belshaw, Jarod | 0001 | MTC-00024848
Beltran, Delfin J. | 0001 | MTC-00014736
Belvin, William S. | 0001 | MTC-00011009
Beman, Ron | 0001 | MTC-00030521
bemlmorrow@ erols.com | 0001 | MTC-00010345
Ben | 0001 | MTC-00004277
Ben | 0001 | MTC-00019256
Ben-Kiki, Oren | 0003 | MTC-00001039
Bender, Adam | 0001 | MTC-00018426
Bender, Brian | 0001 | MTC-00028574
Bender, EIleen T. | 0001 | MTC-00024943
Bender, Nick | 0001 | MTC-00017306
Bender, Vaughn | 0001 | MTC-00019428
Benecke, Jess | 0004 | MTC-00003830
Benedict, Kent | 0001 | MTC-00015275
Benetta129@ aol.com | 0001 | MTC-00006896
Bengtson, Chris | 0002 | MTC-00018568
Benjamin, Jeff | 0002 | MTC-00016717
Benjamin, Todd | 0002 | MTC-00031092
Benjamin, William M. | 0001 | MTC-00013066
Benner, Jack | 0001 | MTC-00027020
Bennet, Faye | 0001 | MTC-00029189
Benneth, Randy | 0001 | MTC-00031223
Bennett, James | 0001 | MTC-00029115
Bennett, Retha | 0001 | MTC-00008028
Bennett, Rick | 0001 | MTC-00013311
Bennett, Steve | 0002 | MTC-00021927
Bennett, William B. | 0001 | MTC-00008884
Bennington, Charles | 0002 | MTC-00033821
Bennington, Timothy L. | 0001 | MTC-00024927
Bennion, Chad | 0001 | MTC-00010101
Bennion, David | 0001 | MTC-00002778
Bennun, Paul | 0001 | MTC-00016371
Beno, Robert | 0001 | MTC-00014604
Benoit, Bill | 0001 | MTC-00002660
Benschop, Joris | 0001 | MTC-00014943
Bensen, Fred | 0001 | MTC-00008049
Benson, C. Sam | 0002 | MTC-00014772
Benson, Fred | 0001 | MTC-00007108
Benson, Markland | 0002 | MTC-00016456
Benson, Peter | 0001 | MTC-00031189
Benson, Peter | 0001 | MTC-00026218
Benson, Sam | 0001 | MTC-00000876
Bentley, Steve | 0001 | MTC-00028352
Benton, Jon | 0001 | MTC-00003994
Berch, Ezra | 0001 | MTC-00027672
Berecki, John E. | 0001 | MTC-00008099
Berens, Stephen | 0004 | MTC-00019833
Berg, Howard | 0001 | MTC-00016060
Berg, Jeffrey | 0001 | MTC-00007263
Berg, Joan Hawkins | 0001 | MTC-00007230
Berg, John | 0001 | MTC-00013103
Berg, Rick | 0002 | MTC-00020714
Bergenske, Doug | 0001 | MTC-00006239
Berger Jr., Phil | 0001 | MTC-00033694
Berger, Chris | 0001 | MTC-00010773
Berger, Daniel | 0001 | MTC-00009311
Berger, John | 0001 | MTC-00017372
Berger, Lee | 0001 | MTC-00029089
Berger, Mark | 0002 | MTC-00023517
Berger, Robert | 0001 | MTC-00030665
Berger, Robert J. | 0002 | MTC-00019285
Bergeran, Jerry | 0001 | MTC-00008509
Bergeron, Chris | 0001 | MTC-00019897
Berggren, Bonnie | 0001 | MTC-00029622
Bergh, Juanita | 0003 | MTC-00028294
Berghefer, Sherry | 0002 | MTC-00005116
Berglund, Richard L. | 0002 | MTC-00031197
Bergman, Neil | 0001 | MTC-00006788
Bergman, Robert J. | 0001 | MTC-00031571
Bergmeister, Frank | 0001 | MTC-00004918
Bergsman, Phyllis | 0001 | MTC-00006964
Bergstrom, Jason | 0001 | MTC-00026451
Bergstrom, Scott | 0002 | MTC-00024714
Berich, Ron | 0001 | MTC-00005774
Berish, Lew | 0001 | MTC-00026216
Beriswill, Paul | 0001 | MTC-00018737
Berke, Gerald | 0001 | MTC-00002656
Berkheisher, Melody | 0001 | MTC-00010228
Berkholtz, Gregg | 0002 | MTC-00020095
Berkus, Josh | 0003 | MTC-00004002
Berlin | 0001 | MTC-00000721
Berlinger, Daniel | 0002 | MTC-00016761
Berman, Iris | 0001 | MTC-00006279
Bernard, Bob | 0001 | MTC-00007447
Bernard, Jon | 0001 | MTC-00019978
Bernardoni, Victor | 0002 | MTC-00013278
Bernecloth, Paul | 0001 | MTC-00000558
Bernegger, M. | 0001 | MTC-00011480
Bernhardt, Jonathan | 0001 | MTC-00003066
Bernott, Bruce | 0001 | MTC-00029079
Bernstein, David | 0001 | MTC-00007306
Bernstein, Joshua | 0001 | MTC-00018416
Bernstein, Leonard | 0001 | MTC-00028338
Bernstein, Philip | 0001 | MTC-00000747
Bero, William | 0001 | MTC-00031987
Berry Sr. Donald P. | 0001 | MTC-00029577
Berry, Nate | 0001 | MTC-00003079
Berry, Patrick T. | 0001 | MTC-00020510
Berry, Ray | 0001 | MTC-00017735
Berry, Tom | 0003 | MTC-00011551
Berry, Will | 0002 | MTC-00018310
Bersin, Josh | 0004 | MTC-00002748
Bersin, Neil | 0001 | MTC-00006075
Berstis, Viktor | 0002 | MTC-00000269
Berthoud, John | 0003 | MTC-00031222
Berthoud, John | 0001 | MTC-00010984
Bertloa, Andrew C. | 0001 | MTC-00017706
Bertogli, Mary | 0002 | MTC-00026080
Bertrand, Alaih | 0001 | MTC-00023983
Bertsche, Katherine | 0001 | MTC-00025461
Bertsche, R. J. | 0001 | MTC-00015752
Berzing, Victor | 0001 | MTC-00017355
Besalel, Samuel | 0002 | MTC-00020987
Besedick, Stephen | 0001 | MTC-00004942
Best, Brian J. | 0001 | MTC-00032137
Best, Chris | 0001 | MTC-00003258
Besteda, R. O. | 0001 | MTC-00007094
Betgood, Jeff | 0001 | MTC-00016845
Bethel, George S. | 0002 | MTC-00026526
Bethge, John D. | 0001 | MTC-00000404
Bettiol, John | 0001 | MTC-00015028
Bettner, Elson | 0001 | MTC-00007113
Bettybobs@ aol.com | 0001 | MTC-00007825
Bettyhu | 0001 | MTC-00008870
Beumeler, mark | 0001 | MTC-00015861
Beumeler, Mark | 0001 | MTC-00026310
Beumeler, Teresa L. | 0001 | MTC-00019325
Beuo, Angelo J. | 0001 | MTC-00030393
Bevelacqua, Jeffrey | 0002 | MTC-00009586
Bevens, Leonard | 0001 | MTC-00021823
Beveridge, Brian | 0001 | MTC-00019033
Bevernage, N. | 0001 | MTC-00014619
bevtal@ aol.com | 0001 | MTC-00017226
Bewee, Don | 0002 | MTC-00000815
Beyer, Bill | 0001 | MTC-00025155
Beyer, Bill | 0001 | MTC-00005564
Beyer, Ken | 0002 | MTC-00015144
Beyer, Ron | 0001 | MTC-00016841
Beymer, Easton | 0001 | MTC-00016995
Beyne, Elizabeth | 0002 | MTC-00033446
Bezanson, Nathaniel | 0001 | MTC-00015866
Bezark, Adam | 0002 | MTC-00026569
Bezold, David | 0001 | MTC-00018472
Bezona, Bob | 0001 | MTC-00029345
BFSTK@ aol.com | 0001 | MTC-00010223
Bharati, Sudeep | 0001 | MTC-00007298
Bhatti, Ishtiyaq | 0001 | MTC-00010544
Bhatti, Saeed | 0001 | MTC-00028927
Bhavnanie, Jeff | 0001 | MTC-00022918
Biafore, Kevin | 0001 | MTC-00001470
Bibbee, Jeff | 0001 | MTC-00030881
Biberdof, Daryl | 0002 | MTC-00027369
Biberdorf, Dea L. | 0001 | MTC-00027381
Bicho, Alan | 0001 | MTC-00029467
Bickart, Robert | 0001 | MTC-00023797
Bickford, Mark H. | 0001 | MTC-00025627
Bicking, Glen | 0001 | MTC-00020723
Bicknell, Scott | 0001 | MTC-00009790
Biddle, Harry | 0001 | MTC-00030617
Bidewell, Brandon | 0002 | MTC-00018810
Biederman, Leonard | 0002 | MTC-00033488
Biederstedt | 0001 | MTC-00017382
Biehl, Tony | 0001 | MTC-00014655
Bieloslei, Michael | 0001 | MTC-00031930
Bierman, Keith | 0001 | MTC-00018529
Biermann, Kevin | 0001 | MTC-00033715
Biese, Bill | 0001 | MTC-00017824
bigbob@
lookingglass.net | 0001 | MTC-00014337
Bigelow, Willard | 0001 | MTC-00014705
Biggs | 0001 | MTC-00027641
bigmagic@
modempool.com | 0001 | MTC-00010874
Bilan, Ann | 0001 | MTC-00007210
Biliunas, N. | 0001 | MTC-00015783
Bill | 0001 | MTC-00026314
billeast@ cfl.rr.com | 0001 | MTC-00014568
Billingham, Mindy | 0002 | MTC-00017378
Billington, Ian | 0001 | MTC-00018904
Billups, Michael | 0001 | MTC-00016868
Bilsland, Vetra | 0001 | MTC-00029600
Binder, Bruce M. | 0002 | MTC-00001998
Bing, Boggye | 0001 | MTC-00024372
Bingaman, Keith | 0002 | MTC-00012110
Binkard, Daniel | 0001 | MTC-00018736
Binkley, Bill | 0002 | MTC-00000106
Binney, Peter | 0001 | MTC-00005717
Binnion, David W. | 0002 | MTC-00019638
Bintliff, Donald L. | 0001 | MTC-00026657
Biondolillo, John | 0001 | MTC-00030235
Birch, Bruce | 0001 | MTC-00016985
Bircsak, John | 0001 | MTC-00018514
Bird, Douglas | 0001 | MTC-00029572
Bird, Geoff | 0006 | MTC-00030646
Bird, Geoff | 0006 | MTC-00030210
Birdsall, Anthony W. | 0001 | MTC-00031684
Birdsall, Richard | 0001 | MTC-00006058
Birdsall, Richard E. | 0001 | MTC-00003963
Birdsall, Walt | 0002 | MTC-00029378
Birling, Doug | 0001 | MTC-00001899
Bisaha, Mark | 0001 | MTC-00016865
Bishop Jr, Vincil C. | 0001 | MTC-00006665
Bishop, Bill | 0001 | MTC-00016608
Bishop, CHristina | 0002 | MTC-00011515
Bishop, David | 0001 | MTC-00018423
Bishop, Jason | 0002 | MTC-00028960
Bishop, Michael | 0001 | MTC-00017599
Bishop, Stephen | 0002 | MTC-00016871
Bishop, Vencil C. | 0001 | MTC-00030006
Bishop, William | 0001 | MTC-00016705
Bissell, Tim | 0001 | MTC-00024001
Bithoney, Tim | 0001 | MTC-00003841
Bittenbender, John | 0001 | MTC-00017518
Bittinger, Kyle | 0001 | MTC-00019146
Bittlestone, Clive | 0001 | MTC-00017990
Bivens, Don | 0001 | MTC-00000147
Bivens, Don | 0001 | MTC-00005023
Bivens, Phillip | 0001 | MTC-00026302
Bixby, Connie | 0002 | MTC-00029896
Bixler, Roy | 0002 | MTC-00023605
Bjorklund, Richard | 0001 | MTC-00005803
Black, Barbara L. | 0001 | MTC-00026133
Black, Don | 0001 | MTC-00020120
Black, Gabriel | 0001 | MTC-00015903
Black, Gary | 0001 | MTC-00031026
Black, Hal | 0009 | MTC-00016287
Black, James | 0001 | MTC-00030975
Black, Jeremy | 0001 | MTC-00017964
Black, Mary | 0002 | MTC-00032074
Black, Matthew | 0003 | MTC-00014177
Black, Michael | 0001 | MTC-00004146
Black, Nathan | 0001 | MTC-00000516
Black, Peter | 0001 | MTC-00011224
Black, Romancer | 0002 | MTC-00000415
Black, Ronald | 0001 | MTC-00005588
Black, Spencer | 0002 | MTC-00028753
Black, Steven | 0003 | MTC-00007809
Black, Steven | 0002 | MTC-00004577
Black-Schaffer, David | 0001 | MTC-00001450
Blackburn, Bob and Pat | 0001 | MTC-00025974
Blackburn, Isabel | 0003 | MTC-00024413
Blackburn, Quin | 0003 | MTC-00026100
Blacke, Robert Jr. | 0001 | MTC-00008045
Blackley, Todd | 0001 | MTC-00018799
Blacklock, Izzy | 0001 | MTC-00025116
Blackman, Carl | 0001 | MTC-00001752
Blackman, Jay | 0001 | MTC-00025784
Blackman, Mark | 0001 | MTC-00007461
Blackwell, James | 0001 | MTC-00014889
Blackwill, Jerry | 0001 | MTC-00008235
Blaeuer, Cindy | 0001 | MTC-00030301
Blair, Benjamin | 0002 | MTC-00016271
Blair, Dale | 0001 | MTC-00031372
Blair, David | 0001 | MTC-00004301
Blair, Eric | 0001 | MTC-00013179
Blair, Paul | 0001 | MTC-00019237
Blair, Steve | 0001 | MTC-00019890
Blair, Tim | 0001 | MTC-00019878
Blais, Bernard | 0001 | MTC-00010143
Blaisdell, Robert P. | 0002 | MTC-00007888
Blake, Bob | 0002 | MTC-00027978
Blake, Christopher | 0001 | MTC-00016515
Blake, Ken | 0001 | MTC-00026300
Blake, Phil | 0001 | MTC-00002932
Blake, Roger | 0001 | MTC-00020992
Blake, Williford | 0001 | MTC-00015846
Blanchard, Hollis | 0001 | MTC-00018512
Bland, Gene | 0001 | MTC-00019834
Blanford, Tom | 0001 | MTC-00030169
Blank, Jessica | 0001 | MTC-00003688
Blankenburg, Karl van | 0001 | MTC-00007781
Blankenburg, Karl Van | 0001 | MTC-00012082
Blann, Melvin R. III | 0002 | MTC-00033599
Blanton, John | 0001 | MTC-00032829
Blanton, Phillip | 0002 | MTC-00022958
Blash, Ed | 0002 | MTC-00020835
Blatchley, brett | 0001 | MTC-00021689
Blatz, Jeremiah | 0001 | MTC-00013119
Bleakley, Bob | 0001 | MTC-00023777
Bleakley, Mr. | 0001 | MTC-00005234
Bleakley, Robert L. | 0001 | MTC-00006609
Bleichert, John | 0002 | MTC-00024303
Bleier, Brad | 0002 | MTC-00018184
Bleimeister, W. C. | 0001 | MTC-00008975
Blessing, Chris | 0001 | MTC-00015742
Blevins, Brian | 0001 | MTC-00005364
Bliss, Brian | 0001 | MTC-00023724
Bliss, Daniel | 0001 | MTC-00001547
Bliss, Neil | 0001 | MTC-00016570
Bloch, Len | 0001 | MTC-00004387
Block, Bill | 0001 | MTC-00007556
Blomberg, David | 0001 | MTC-00003097
Blondo, Ted | 0002 | MTC-00010304
Bloom, Gregg | 0001 | MTC-00019384
Bloomfield, C. W. and F. E. | 0001 | MTC-00012760
Bloomfield, C.W. and F.E. | 0001 | MTC-00001888
Blott, Rich | 0001 | MTC-00007116
Blough, Joseph | 0001 | MTC-00004470
Blount, Chris T. | 0001 | MTC-00007808
Blount, Michelle D. | 0001 | MTC-00031387
Blowers, Michelle | 0001 | MTC-00019527
Blue, David | 0001 | MTC-00030384
Blulock, Jack | 0001 | MTC-00025412
Blum, Bob | 0001 | MTC-00006792
Blum, Geb | 0001 | MTC-00005258
Blumberg, Seth L. | 0001 | MTC-00018286
Blumberg, Shelley | 0002 | MTC-00007323
Blumberg, Shelley | 0001 | MTC-00011986
Blumenthal, Joseph | 0001 | MTC-00000181
Bly, Richard | 0001 | MTC-00003164
Blyder, Amelia | 0001 | MTC-00007450
BMail123@ aol.com | 0001 | MTC-00007456
bmiramontes | 0001 | MTC-00021378
Bnnion, Heber | 0001 | MTC-00028265
Boatright, J.C. | 0001 | MTC-00029976
Boatright, JC | 0002 | MTC-00027940
Boatwright, John M, III | 0001 | MTC-00013632
Bob | 0003 | MTC-00027486
Bob E. | 0001 | MTC-00025648
bob@ arnoldsmith | 0001 | MTC-00024810
bob@ arnoldsmithins.com | 0001 | MTC-00010350
bobak@ gwu.edu | 0001 | MTC-00021961
Bobbs, Bradley | 0001 | MTC-00010341
Bobbs, Bradley | 0001 | MTC-00011511
bobguth@ fidnet.com | 0001 | MTC-00028708
bobguth@ fidnet.com | 0001 | MTC-00028716
BobJ8806@
aol.com | 0001 | MTC-00008283
bobleibo@
bellatlantic.net | 0001 | MTC-00028107
bobp@
marketwriter.com | 0001 | MTC-00010931
bobskopek@ juno.com | 0001 | MTC-00010458
Bock, David | 0001 | MTC-00027951
Bock, JB | 0001 | MTC-00021856
Bock, Wolf | 0001 | MTC-00006961
Bode, Jim | 0001 | MTC-00008926
Bode, Jim | 0001 | MTC-00023311
Bode, John T. | 0001 | MTC-00031156
Bodenstab, Mark | 0001 | MTC-00009229
Boder, Ryan | 0010 | MTC-00004837
Bodily, Gary | 0001 | MTC-00023182
Bodo, Anthony E. | 0001 | MTC-00002051
Bodoia, Adelaide | 0001 | MTC-00002666
Body, Alfred C. | 0001 | MTC-00027816
Boe, Dale | 0002 | MTC-00029324
Boeger, Nathan | 0001 | MTC-00003609
Boehm, Kenneth | 0002 | MTC-00030342
Boer, Michael | 0001 | MTC-00017723
Boes, Eric | 0001 | MTC-00003877
Boesler, Susan | 0001 | MTC-00026259
Boeynik, Jeff | 0001 | MTC-00030035
Bogaardt, Walter | 0005 | MTC-00025416
Bogan, Nick | 0002 | MTC-00004833
Bogart, Bill | 0002 | MTC-00013932
Bogart, Don | 0002 | MTC-00009259
Boggs, Phil | 0001 | MTC-00008733
Boggs, Robert | 0002 | MTC-00012809
Bogosian, Matthew | 0001 | MTC-00016713
Bogott, Andrew | 0002 | MTC-00022816
Bogue, Lisa | 0001 | MTC-00018214
Bohan, James | 0001 | MTC-00028308
Bohling, Bill | 0001 | MTC-00015331
Bohlke, Karen | 0001 | MTC-00031015
Bohmbach, Thomas J. | 0001 | MTC-00018820
Bohmback, Jennifer S. | 0001 | MTC-00019935
Bohn, Dieter | 0001 | MTC-00015407
Bohn, Eric | 0001 | MTC-00000838
Bohr, N. | 0001 | MTC-00000357
Bokon, Sylvia | 0001 | MTC-00014603
Boland, Scott | 0001 | MTC-00023771
Boland, Tracy | 0001 | MTC-00018460
Bolden, Scott | 0004 | MTC-00021655
Bolding, Wendy | 0001 | MTC-00009965
Bolduc, Bruce | 0001 | MTC-00031786
Bolen, Michael | 0001 | MTC-00023347
Boles, Mark E. | 0001 | MTC-00019313
Bolie, Victor W. | 0002 | MTC-00010247
Bolin, Edward P. | 0002 | MTC-00023332
Bolin, Ron | 0001 | MTC-00025112
Bolling, Bill | 0002 | MTC-00031430
Bolner, D.J. | 0001 | MTC-00026607
Bolzer, Oliver M. | 0001 | MTC-00014892
Bolzern, Mark | 0003 | MTC-00008223
Boman, Lynn B. | 0001 | MTC-00008718
bomar, Lucien | 0001 | MTC-00011633
Bombard, Peter W. | 0003 | MTC-00019304
Bombardier, James H. | 0001 | MTC-00020083
Bonadio, Allan | 0001 | MTC-00000327
Boncarosky | 0002 | MTC-00012773
Boncelet, Charles | 0002 | MTC-00027649
Bond, Michael | 0001 | MTC-00019504
Bonderer, Ray | 0002 | MTC-00004421
Bondi, Joe | 0001 | MTC-00001040
Bondurant, Bill | 0001 | MTC-00026155
Bondy, Jon | 0001 | MTC-00017788
Bonefacio, Adorabell | 0002 | MTC-00028069
Bonefacio, Bernie | 0001 | MTC-00028021
Bonelli, Neal | 0001 | MTC-00007561
Bonesteel, Jon | 0002 | MTC-00004256
Bonilla, Pedro | 0001 | MTC-00000200
Bonnanno, John | 0002 | MTC-00004660
Bonnell, Holly | 0001 | MTC-00031443
Bonner, Jeff | 0003 | MTC-00018610
Bonow, Jerry | 0001 | MTC-00005150
Bontz, Daniel | 0001 | MTC-00008430
bonzelet@ voyager,net | 0001 | MTC-00017342
Bonzi, Jay | 0001 | MTC-00006014
Boody, Jeff | 0001 | MTC-00002631
Booher, John | 0001 | MTC-00024847
boojak@ tubbs.net | 0001 | MTC-00017606
Boome, Herb | 0001 | MTC-00030415
Boonham, Chris | 0001 | MTC-00007847
boopster2626@ aol.com | 0001 | MTC-00014502
Booth, Brandon | 0001 | MTC-00017795
Booth, J. D. | 0002 | MTC-00018801
Boothby, Robert | 0002 | MTC-00023859
Boothe, Ronald and Dorothy | 0001 | MTC-00006296
Boothe, Steven | 0002 | MTC-00017541
Bootz, Rosalie M. | 0001 | MTC-00014500
Borchers, John | 0001 | MTC-00012857
Borck, Henskanl | 0005 | MTC-00025282
Borczak, Richard | 0001 | MTC-00026265
Border, Pete | 0001 | MTC-00016607
Border, Peter | 0001 | MTC-00016653
Borger, John | 0001 | MTC-00010279
Borgerding, Zachary | 0001 | MTC-00015341
Borgnaes, Christian | 0001 | MTC-00015847
Borie, Jon | 0001 | MTC-00030988
Bork, John | 0001 | MTC-00026668
Borkholm, Clay | 0001 | MTC-00005376
Borko, Tom | 0003 | MTC-00029177
Borland, Brad | 0001 | MTC-00007056
Borland, Brad | 0002 | MTC-00026272
Borland, J. Bradford | 0001 | MTC-00030518
Borland, Lou and Vo, Viet | 0002 | MTC-00031700
Born, Jeff | 0001 | MTC-00015947
Bornelli, Baron | 0001 | MTC-00029161
Borrello, Peter J. | 0001 | MTC-00023189
Borrill, Stephen | 0001 | MTC-00020366
Bortle, Chris | 0001 | MTC-00017982
Bortles, Al | 0002 | MTC-00033610
Bory, Kevin | 0002 | MTC-00019600
Borza, Michael Jay | 0001 | MTC-00006259
Bos, Rob | 0001 | MTC-00017601
Bosland, Kris | 0001 | MTC-00017113
Bosputer@ aol.com | 0001 | MTC-00014166
Bossert, Greg | 0002 | MTC-00015197
Bossert, Ralph | 0002 | MTC-00014309
Bosshart, Donald | 0001 | MTC-00009735
Boston, Sandi | 0001 | MTC-00006587
Bostrom, Doug | 0001 | MTC-00009769
Bostrom, Richard | 0001 | MTC-00031713
Boswell, David | 0001 | MTC-00016246
Boszko, Mark | 0001 | MTC-00027600
Botaitis, James | 0001 | MTC-00001727
Bothe, Fred | 0001 | MTC-00030305
Botkin, Don | 0002 | MTC-00033614
Botkins, G. | 0001 | MTC-00015372
Bottero, Joseph | 0001 | MTC-00003020
Bottinelli, Colette | 0002 | MTC-00025252
Botton, Charles | 0001 | MTC-00007683
Botts, Jim and Shirley | 0001 | MTC-00013964
Boudrot, Daniel | 0001 | MTC-00024345
Boulais, Pamela | 0002 | MTC-00020025
Boulanger, Dick | 0001 | MTC-00011669
Boulis, Dick | 0001 | MTC-00032046
Boulware, Kristen | 0001 | MTC-00029683
Bourgeois, Thomas C. | 0002 | MTC-00018480
Bourgon, Michael | 0002 | MTC-00015366
Bourvt, Jean-Claude | 0001 | MTC-00015058
Bouscal, Dennis | 0001 | MTC-00005518
Boushee, Betty | 0001 | MTC-00011660
Boutwell, George | 0001 | MTC-00003182
Bouvier, Dennis J. | 0001 | MTC-00004212
Bovill, Adam | 0001 | MTC-00016900
Bovy, Grace | 0001 | MTC-00018097
Bovy, Stephen | 0001 | MTC-00018095
Bovy, Stephen | 0001 | MTC-00018115
Bow, Clara | 0001 | MTC-00004307
Bowen, Carl | 0001 | MTC-00031338
Bowen, Glenda | 0001 | MTC-00009529
Bowen, James W. | 0001 | MTC-00009625
Bowen, Michael | 0001 | MTC-00016981
Bowen, Michael | 0002 | MTC-00016752
Bowen, Tim | 0002 | MTC-00013622
Bower, Dustan | 0002 | MTC-00027474
Bowers | 0001 | MTC-00022542
Bowers, Ben | 0001 | MTC-00033817
Bowers, Eric | 0001 | MTC-00015110
Bowers, Joseph | 0002 | MTC-00016250
Bowers, Robert T. | 0001 | MTC-00015596
Bowers, Steven R. | 0001 | MTC-00004067
Bowersox, B. Richard | 0001 | MTC-00002720
Bowersox, Eric J. | 0002 | MTC-00017047
Bowler, Nate | 0001 | MTC-00018143
Bowles, Art | 0001 | MTC-00006910
Bowles, Robert | 0001 | MTC-00018856
Bowles, Thomas | 0001 | MTC-00022900
Bowlin, David | 0001 | MTC-00010056
Bowling, Dare | 0001 | MTC-00009324
Bowling, Dave | 0001 | MTC-00009325
Bowling, Jill | 0001 | MTC-00014642
Bowman, Curtis | 0001 | MTC-00021679
Bowman, Danny | 0001 | MTC-00001383
Bowman, Donald | 0001 | MTC-00022815
Bowman, Gordon W. | 0001 | MTC-00032047
Bowman, Patrick | 0001 | MTC-00017841
Bowman, Sam | 0001 | MTC-00017161
Bown, Philip | 0002 | MTC-00003793
Bowyer, Joe | 0001 | MTC-00007149
box010831 | 0001 | MTC-00016080
Boxenbaum, Stuart | 0001 | MTC-00000880
Boxer, Evan | 0001 | MTC-00033838
Boyd, Andy | 0001 | MTC-00012888
Boyd, Anthony | 0001 | MTC-00019338
Boyd, Anthony | 0001 | MTC-00003452
Boyd, Carlotta | 0001 | MTC-00030529
Boyd, Daniel | 0002 | MTC-00016692
Boyd, Fred | 0001 | MTC-00006572
Boyd, Patrick | 0001 | MTC-00023057
Boyd, R. L. | 0002 | MTC-00004218
Boyer, Ken | 0001 | MTC-00005596
Boyer, Thomas | 0001 | MTC-00009040
Boyes, Jesse | 0001 | MTC-00018165
Boykin, Dennis | 0002 | MTC-00017474
Boykin, Joseph | 0001 | MTC-00009144
Boyle, Jimmy | 0001 | MTC-00005749
Boyle, Kevin | 0001 | MTC-00024564
Boynton, John | 0002 | MTC-00022613
Boynton, Lee | 0001 | MTC-00018189
Bozarth, John | 0001 | MTC-00020590
Brace, Stuart | 0001 | MTC-00006263
Bracken, Marlin N. | 0001 | MTC-00026873
Brackett, D. Carroll | 0001 | MTC-00024775
Braden, Nancy | 0001 | MTC-00031825
Braden, Randall | 0001 | MTC-00033849
Bradford, David W. | 0001 | MTC-00018906
Bradford, Gregory | 0002 | MTC-00018083
Bradford, Ricahrd | 0001 | MTC-00025294
Bradlee, Merrill and Adele | 0001 | MTC-00014062
Bradley, Bernard | 0002 | MTC-00023316
Bradley, Christopher | 0002 | MTC-00027597
Bradley, Dave | 0001 | MTC-00024972
Bradley, Florence | 0001 | MTC-00007126
Bradley, John | 0001 | MTC-00005913
Bradley, Leonard | 0001 | MTC-00006381
Bradley, Marshall | 0001 | MTC-00014245
Bradley, Paul | 0001 | MTC-00017741
Bradley, Rick | 0004 | MTC-00019100
Bradley, Stephen | 0001 | MTC-00002779
Bradshaw, Chris | 0001 | MTC-00004685
Bradshaw, George | 0001 | MTC-00012584
Brady, Davo | 0001 | MTC-00023968
Brady, Joe | 0002 | MTC-00027981
Brady, Luke | 0002 | MTC-00017329
Brady, Wayne | 0001 | MTC-00008643
Braehman, Fred | 0001 | MTC-00030869
Brager, James | 0001 | MTC-00006603
Brager, Jim | 0002 | MTC-00001447
Braiger, Marilyn | 0002 | MTC-00030230
Brainback, Rick | 0001 | MTC-00022366
Bramlitt, Joel | 0001 | MTC-00008847
Branczyk, Stephan | 0002 | MTC-00003621
Brand, Chris | 0002 | MTC-00011455
Brand, Estelle | 0001 | MTC-00031703
Brandel, Brian J. | 0001 | MTC-00019066
Brandenburg, Bill and Fran | 0001 | MTC-00006488
Brandligt, Bruce | 0002 | MTC-00002556
Brandt, Braswell | 0003 | MTC-00017353
Brandt, Daniel | 0002 | MTC-00017849
Brandt, David | 0001 | MTC-00016376
Brandt, David | 0001 | MTC-00006681
Brandt, Jim | 0001 | MTC-00022124
Brandt, Robert | 0001 | MTC-00033851
Branley, Thomas | 0001 | MTC-00006206
Brann, Sean | 0001 | MTC-00018251
Branner, Jim | 0001 | MTC-00027148
Branney, Sean | 0001 | MTC-00001482
Brannon, Anna Gallegos | 0002 | MTC-00028276
Brannon, Michael H. | 0001 | MTC-00030834
Branscomb, Harvie | 0001 | MTC-00024003
Brant, Mike | 0001 | MTC-00022469
Brant, Rosemary | 0001 | MTC-00007366
Branton, Marliere | 0001 | MTC-00031395
Branton, Michael | 0001 | MTC-00001753
Branzuela, Robert | 0001 | MTC-00030027
brarnam@ atmc.net | 0001 | MTC-00028165
Bratredser, Sean | 0003 | MTC-00003781
Bratsanos, James | 0001 | MTC-00005529
Bratt, Steve | 0001 | MTC-00017623
Bratton, Alex | 0001 | MTC-00016480
Bratton, Erich | 0001 | MTC-00016315
Braude, Elizabeth | 0001 | MTC-00026274
Brauer, Adrienne | 0001 | MTC-00005122
Braun, Bill | 0001 | MTC-00032316
Braun, Burk | 0002 | MTC-00003233
Braun, Richard M. | 0001 | MTC-00019447
Braunstein, Aaron | 0001 | MTC-00001197
Brauwerman, Michael | 0001 | MTC-00019425
Brawford, Hugh B. | 0001 | MTC-00028309
Bray, Teresa | 0001 | MTC-00026177
Bray, Tim | 0002 | MTC-00017821
Bray, Tony | 0002 | MTC-00009534
Brazil, Joel | 0001 | MTC-00006660
Breaux, Tim | 0002 | MTC-00004678
Bredemeyer, Kris | 0001 | MTC-00011288
Bredeweg@
wt6.usdog.gov | 0001 | MTC-00009819
Breeden, Gary | 0003 | MTC-00027695
Breedveld, Jake | 0001 | MTC-00029604
Brehm, Bruce | 0001 | MTC-00001644
Brehm, Bruce | 0001 | MTC-00001649
Brehm, Frederick W. | 0002 | MTC-00019770
Brehob, Mark | 0001 | MTC-00015517
Breidecker, Robert | 0001 | MTC-00004031
Breitman, Jerald A. | 0001 | MTC-00027233
Breitner, Jeff | 0003 | MTC-00025398
Breland, Martin | 0001 | MTC-00016551
Brelvik, Mary | 0002 | MTC-00028919
Bremer, Walter | 0001 | MTC-00020037
Bremmer, Beth | 0001 | MTC-00020059
Bremmer, Daniel | 0001 | MTC-00018842
Brendel, Gregory J. | 0002 | MTC-00027459
Brennan, Greg | 0001 | MTC-00003244
Brennan, Joe | 0001 | MTC-00029973
Brennan, Joe and Betty | 0001 | MTC-00028406
Brennan, Michael | 0001 | MTC-00033796
Brennan, Mike | 0001 | MTC-00000659
Brennan, Scott | 0002 | MTC-00029077
Brennan, Scott | 0001 | MTC-00029073
Brenneke, Richard | 0001 | MTC-00007289
Brenner, Jerome | 0002 | MTC-00033426
Brenner, Joseph M. | 0001 | MTC-00023419
Brenner, Marc | 0001 | MTC-00027542
Brenner, Marc | 0001 | MTC-00033684
Brenner, Ramsey G. | 0001 | MTC-00004845
Brent, Bill | 0001 | MTC-00008311
Brents, Sandi | 0001 | MTC-00009829
Bressler, Bob | 0002 | MTC-00026252
Brett, Darrell C. | 0001 | MTC-00005797
Breuer, William J. | 0001 | MTC-00007685
Brewer, Daniel | 0001 | MTC-00027263
Brewer, Michael | 0002 | MTC-00004009
Brewer, Steven | 0001 | MTC-00004478
Brewer, Ty | 0002 | MTC-00015358
Brewis, Bill | 0001 | MTC-00001223
Brewster, Aaron | 0001 | MTC-00018171
Breyer, Ellen | 0001 | MTC-00001516
Bria, Joseph | 0001 | MTC-00006577
Brian | 0001 | MTC-00025749
Brian, Kurt | 0002 | MTC-00018338
brians@ 110.net | 0001 | MTC-00028158
brian—l | 0001 | MTC-00025765
briardcptd.net | 0001 | MTC-00024251
Bricker, Stephanie | 0002 | MTC-00027480
Brickley, Roy | 0001 | MTC-00015466
Brickman, Thor | 0001 | MTC-00017947
Brickman,Thor | 0001 | MTC-00017959
Brickner, David | 0003 | MTC-00016536
Bridge, Bill | 0001 | MTC-00019262
Bridgeo, Harry | 0001 | MTC-00007559
Bridges, John | 0001 | MTC-00022123
Bridgewater, Gary | 0002 | MTC-00026601
Bridgwater, Benedict | 0002 | MTC-00000886
Brigebrite@ aol.com | 0001 | MTC-00006056
Briggs, Albert | 0001 | MTC-00029059
Briggs, Don | 0001 | MTC-00027850
Briggs, Edward | 0002 | MTC-00033643
briggs, Sam | 0001 | MTC-00005848
Bright, Carl | 0001 | MTC-00000807
Brightup, Earl D. | 0001 | MTC-00001005
Brink, Christian | 0001 | MTC-00018181
Brinkerhaff, Kris | 0001 | MTC-00013542
Brinkley, Bill | 0002 | MTC-00019782
Brinkley, Buddy | 0001 | MTC-00014162
Brinley, Lawrence | 0002 | MTC-00016709
Brinson, Betsy | 0001 | MTC-00011758
Bristol, David | 0001 | MTC-00003122
Bristow, Cliff | 0001 | MTC-00007665
Brito, Maria | 0001 | MTC-00029721
Britt, Christopher | 0001 | MTC-00029729
Brittain, Larry L. | 0001 | MTC-00008854
Brittenham, Matt | 0001 | MTC-00004668
Broadnell, Geoffrey | 0003 | MTC-00027063
Broadwell, Jonathan | 0001 | MTC-00018179
Brocato | 0001 | MTC-00000390
Broccardo, Jason | 0001 | MTC-00025618
Brock, Frederick | 0001 | MTC-00011091
Brocka, Lori | 0001 | MTC-00032086
Brockerman, Steven | 0002 | MTC-00020524
Brockmeier, Joe | 0002 | MTC-00003341
Brode, Robert E. | 0001 | MTC-00009861
Broderick, Brandon | 0001 | MTC-00003221
Brodie, Irin | 0001 | MTC-00030644
Brodin, Eric | 0001 | MTC-00029666
Brody | 0001 | MTC-00016085
Brody, Abraham | 0003 | MTC-00005014
Brody, Bill | 0001 | MTC-00014927
Broering, Tim R. | 0002 | MTC-00024905
Brofka, Edward | 0002 | MTC-00008549
Brofman, Alexander | 0001 | MTC-00023348
Broggy, Michael | 0001 | MTC-00017367
Broman, Tom | 0001 | MTC-00028451
Bromberg, Ken | 0001 | MTC-00016565
Bromley, Bruce | 0001 | MTC-00027092
Bromley, Louis | 0001 | MTC-00012595
Bromman, Chester E. | 0001 | MTC-00030511
Brone, John | 0001 | MTC-00014731
Bronshteyn, Yev | 0001 | MTC-00004614
Bronshteyn, Yev | 0001 | MTC-00004615
Bronson, Jim | 0001 | MTC-00025906
Bronson, Rick | 0001 | MTC-00022618
Bronstein, Seymour | 0001 | MTC-00023491
Brook, Michael | 0001 | MTC-00001490
Brook, Yaron | 0003 | MTC-00031619
Brook, Yaron and Ghate, Onkar | 0003 | MTC-00032064
Brookes, Craig | 0001 | MTC-00020079
Brookes, Dave | 0001 | MTC-00003890
Brookes, David | 0002 | MTC-00009732
Brookes, David | 0001 | MTC-00011521
Brooks, Alan | 0001 | MTC-00001659
Brooks, Bernard J. | 0002 | MTC-00030799
Brooks, Bill | 0001 | MTC-00024395
Brooks, Colette | 0001 | MTC-00025703
Brooks, Conway | 0001 | MTC-00031795
Brooks, Floyd | 0001 | MTC-00031751
Brooks, John | 0001 | MTC-00020886
Brooks, Leon | 0006 | MTC-00004273
Brooks, Marc | 0001 | MTC-00004014
Brooks, Rama | 0003 | MTC-00010734
Brooks, Steve | 0001 | MTC-00000334
Brooks, Steve | 0001 | MTC-00008709
Broom, Tim | 0001 | MTC-00031128
Broonan, David | 0001 | MTC-00009473
Brosan, John D. | 0001 | MTC-00027840
Brosan, Kimberly | 0001 | MTC-00027916
Brosnahan, Richard | 0001 | MTC-00011095
Brouse, Chuck | 0001 | MTC-00006751
Broussard, Craig T. | 0002 | MTC-00029716
Brower, David | 0001 | MTC-00016610
Brown Harold C. | 0001 | MTC-00030231
Brown, Adam | 0001 | MTC-00018069
Brown, Ardith | 0001 | MTC-00025963
Brown, Ben | 0001 | MTC-00016762
Brown, Bernadine M. | 0001 | MTC-00017730
Brown, Carey | 0001 | MTC-00003687
Brown, Charles | 0001 | MTC-00031765
Brown, Chris | 0001 | MTC-00028036
Brown, Curtis J. | 0001 | MTC-00020041
Brown, Damon | 0001 | MTC-00017014
Brown, Daniel | 0002 | MTC-00025692
Brown, Daniel | 0002 | MTC-00015265
Brown, Darrick | 0003 | MTC-00024903
Brown, Dave | 0001 | MTC-00016764
Brown, David | 0001 | MTC-00024913
Brown, David F. | 0002 | MTC-00014826
Brown, Dennis | 0001 | MTC-00008696
Brown, Donna | 0001 | MTC-00014743
Brown, Doug | 0001 | MTC-00006626
Brown, Erwin | 0001 | MTC-00009852
Brown, Frank | 0001 | MTC-00008625
Brown, Frank W. | 0001 | MTC-00030000
Brown, Glen | 0002 | MTC-00011154
Brown, Jason | 0001 | MTC-00003359
Brown, Jeremy | 0003 | MTC-00009823
Brown, Jim | 0001 | MTC-00000602
Brown, John | 0001 | MTC-00007572
Brown, John A. | 0002 | MTC-00004026
Brown, Johnathan | 0001 | MTC-00014474
Brown, Jomo K. | 0001 | MTC-00020064
Brown, Joseph | 0001 | MTC-00016804
Brown, Joseph L. | 0002 | MTC-00000777
Brown, Joy and Lila | 0001 | MTC-00008944
Brown, Kenneth | 0007 | MTC-00030062
Brown, Kerwin | 0001 | MTC-00027136
Brown, Kevin | 0001 | MTC-00009269
Brown, Kody | 0001 | MTC-00003131
Brown, Leif | 0001 | MTC-00015627
Brown, Mary Douglas | 0001 | MTC-00031096
Brown, Matt | 0001 | MTC-00016584
Brown, Matthew | 0001 | MTC-00020877
Brown, Miriam | 0001 | MTC-00008629
Brown, Paul | 0001 | MTC-00020856
Brown, Raymond | 0002 | MTC-00030120
Brown, Rob | 0001 | MTC-00002758
Brown, Robert | 0002 | MTC-00033675
Brown, Robert | 0001 | MTC-00018883
Brown, Robert T. | 0001 | MTC-00015013
Brown, S. Neal | 0001 | MTC-00031710
Brown, Scott | 0001 | MTC-00015810
Brown, Shamus | 0001 | MTC-00024826
Brown, Shilar | 0001 | MTC-00018813
Brown, Steve | 0001 | MTC-00010811
Brown, Susan | 0001 | MTC-00012832
Brown, Susan | 0001 | MTC-00014737
Brown, Thomas J. | 0002 | MTC-00008104
Brown, Tom | 0001 | MTC-00019921
Brown, Walter | 0004 | MTC-00009172
Brown, Willie | 0001 | MTC-00033825
Brown, Willis | 0001 | MTC-00030398
Brown, Willis F. | 0001 | MTC-00030388
Browne, Kris | 0001 | MTC-00022926
Browne, Roger | 0001 | MTC-00008022
Browne, Trenton | 0001 | MTC-00014221
Brownell, David | 0001 | MTC-00016398
Browner, Robert | 0002 | MTC-00027699
Browning, Carl | 0001 | MTC-00020097
Browning, Connie | 0001 | MTC-00028298
Browning, Mary | 0001 | MTC-00011774
Browning, MIke | 0001 | MTC-00030087
Browning, Philip | 0001 | MTC-00003193
Browning, William | 0001 | MTC-00008105
Brownlee, George | 0001 | MTC-00000122
Brownsberger, kenneth | 0001 | MTC-00021805
Brownstein, Marc | 0001 | MTC-00032002
Broyles, Arthur | 0001 | MTC-00030180
Broyles, Peggy | 0001 | MTC-00028917
brtlyv60@ msn.com | 0001 | MTC-00011437
Brubaker, Alex | 0001 | MTC-00011670
Brubaker, Anita | 0001 | MTC-00025289
Brubaker, Hillary | 0001 | MTC-00013920
Brubaker, Rosemary | 0001 | MTC-00029356
Brubaker, Tony | 0001 | MTC-00027917
Bruce | 0001 | MTC-00014067
Bruce, Kecia | 0001 | MTC-00005458
BruceG@ tisi.com | 0001 | MTC-00000153
bruceherz@ hotmail.com | 0001 | MTC-00024255
bruce—amberson@
yahoo.com | 0001 | MTC-00024809
Bruggner, Robert | 0001 | MTC-00022130
Bruins, Mike | 0001 | MTC-00003645
Brumley, David | 0001 | MTC-00017004
Brumlik, Marc | 0002 | MTC-00000310
Brumm, Joseph | 0001 | MTC-00010501
Brumm, Michael R. | 0001 | MTC-00024840
Brundege, James | 0002 | MTC-00004388
Bruneau, Paul | 0001 | MTC-00013344
Brunke, Juergen | 0001 | MTC-00011764
Brunn, David | 0002 | MTC-00005227
Bruno, Alexander | 0001 | MTC-00015244
Bruno, Mary | 0001 | MTC-00030452
Bruno, Rocco | 0001 | MTC-00013862
Brunskill, Michael | 0002 | MTC-00008280
Brunswick, Les | 0001 | MTC-00009764
Bruschi, Gene | 0001 | MTC-00005495
Brush, Neil | 0001 | MTC-00017502
Bryan, Brent | 0001 | MTC-00015578
Bryan, Greta | 0002 | MTC-00031436
Bryan, John | 0002 | MTC-00017445
Bryan, Tom | 0002 | MTC-00027380
Bryant, Bob | 0001 | MTC-00015059
Bryant, Doug | 0001 | MTC-00016751
Bryant, George | 0001 | MTC-00012611
Bryant, Gerald W. | 0001 | MTC-00029451
Bryant, Greg | 0001 | MTC-00007534
Bryant, Harry | 0001 | MTC-00006484
Bryant, J. D. | 0001 | MTC-00020811
Bryant, Mike | 0002 | MTC-00017721
Bryant, Richard | 0001 | MTC-00012874
Bryant, Susan | 0001 | MTC-00020969
Bryant, Wayne | 0001 | MTC-00018505
Bryce, Tim | 0001 | MTC-00009788
Bryce, Tom | 0001 | MTC-00001736
Brykowski, Roman | 0001 | MTC-00031725
Bryld, Judy | 0001 | MTC-00025962
Brylow, Scott | 0002 | MTC-00026626
Bryon, Rigg | 0001 | MTC-00015665
Bryson, James | 0001 | MTC-00000737
Bschoff, Kevin | 0001 | MTC-00009777
Buangan, Mary Beth | 0002 | MTC-00028493
Bubanovich, Stephen | 0001 | MTC-00007192
bubbalaura@ juno.com | 0001 | MTC-00011036
Bube, Virgil | 0001 | MTC-00004200
Buccheeer, Kwest | 0002 | MTC-00026574
Bucelato, John | 0001 | MTC-00007728
Buchanan, Bryce and Diana | 0001 | MTC-00011879
Buchanan, Dwight N. | 0001 | MTC-00017718
Buchanan, Jerry | 0001 | MTC-00031228
Buchanan, Joseph F. | 0001 | MTC-00008241
Buchanan, Joseph F. | 0001 | MTC-00008258
Buchanan, Loren | 0002 | MTC-00003200
Buchar, J. T. | 0002 | MTC-00029696
Bucholz, Mark | 0001 | MTC-00013045
Buchta, Bernard | 0002 | MTC-00030010
Buchta, Bernard R. | 0002 | MTC-00028739
Buck, Joseph | 0003 | MTC-00003590
buck@ nfdc.net | 0001 | MTC-00011876
Bucke, Bob | 0001 | MTC-00023106
Buckles, Ray | 0002 | MTC-00025874
Buckley, Jeremiah | 0001 | MTC-00016453
Buckley, Kathy | 0001 | MTC-00033701
Buckley, Seth | 0001 | MTC-00017504
Buckley, Simon | 0001 | MTC-00015477
Buckley, Timothy | 0001 | MTC-00028782
Buckley, Timothy P. | 0001 | MTC-00031173
Buczek, Joe | 0002 | MTC-00000638
Buczek, Joe | 0003 | MTC-00022109
Budd, Paul | 0001 | MTC-00030019
Budd, Tracy | 0001 | MTC-00000826
Buddington, Eric | 0001 | MTC-00018287
Budhyarto, Budhy R. | 0001 | MTC-00002652
Budne, Phil | 0001 | MTC-00019057
Budukiewicz | 0001 | MTC-00005974
Budukiewicz, Fred | 0001 | MTC-00010881
Buecheler, Eric | 0001 | MTC-00006588
Buecheler, Kurt | 0002 | MTC-00005900
Buecheler, Lori | 0001 | MTC-00026579
Buehler, Baba Z. | 0001 | MTC-00018576
Buell, Mark | 0001 | MTC-00002323
Bueno, Ron | 0002 | MTC-00001580
Buermann, Josh | 0002 | MTC-00016896
Buesen, Don | 0001 | MTC-00007185
Buesin, Kyle | 0001 | MTC-00022203
Buffamonte, Steven | 0001 | MTC-00009454
Buffmire, Judy Ann | 0002 | MTC-00030079
Buford, Rick | 0001 | MTC-00019097
Bugnacki, Kevin | 0001 | MTC-00033802
Buhler, Fred | 0002 | MTC-00031091
Buhtz, Greg | 0002 | MTC-00020242
Buice, Michael | 0001 | MTC-00018211
Bukowski, Joseph | 0001 | MTC-00031536
Bulbrook, Harry | 0001 | MTC-00017899
Bulk, Frank | 0001 | MTC-00002709
Bull, Bill | 0001 | MTC-00020586
Bullamore, Mary Ann | 0001 | MTC-00025182
Bullard, Clifton | 0001 | MTC-00018422
Bullick, Carole M. | 0001 | MTC-00013566
Bullington-McGuire, Richard | 0001 | MTC-00016052
Bullock, Benjamin R. | 0002 | MTC-00031978
Bullock, Debi J. | 0001 | MTC-00002571
Bullock, Jim | 0003 | MTC-00017442
Bullock, Kevin | 0001 | MTC-00027442
Bullwinkel, Steve | 0001 | MTC-00015103
Bulmer, Andrew | 0001 | MTC-00000749
Bumgardner, Larry | 0001 | MTC-00012765
Bumgardner, Steve | 0001 | MTC-00002608
Bumgardner, Steve | 0001 | MTC-00013738
Bunall, Adam | 0001 | MTC-00003760
Bunch, Philip | 0002 | MTC-00022987
Bundo, Pablo EL Vaga | 0001 | MTC-00003815
Bunker, Paul | 0001 | MTC-00013075
Bunn, W. E. | 0001 | MTC-00008113
Bunt, Eugene | 0001 | MTC-00026008
Bunting, Dave | 0001 | MTC-00000189
Bunton, Shon | 0002 | MTC-00027104
Buoussard, Missy | 0001 | MTC-00032076
Buoy, Chris | 0001 | MTC-00025849
Burbank, Harold H. | 0001 | MTC-00011000
Burch, Jay | 0001 | MTC-00008876
Burcham, Robert | 0001 | MTC-00004680
Burchett, Kimberley | 0002 | MTC-00018781
Burchman, Robert | 0001 | MTC-00016885
Burd, Erik | 0002 | MTC-00016952
Burd, Noreen | 0002 | MTC-00008928
Burden, Richard | 0001 | MTC-00003404
Burdett, Larado | 0002 | MTC-00026316
Bures, George | 0001 | MTC-00008875
Burg, Richard W. | 0001 | MTC-00008237
Burgan Kevin | 0001 | MTC-00027767
Burger, Jerry | 0001 | MTC-00010831
Burger, Robert | 0001 | MTC-00029870
Burgess, Craig | 0002 | MTC-00018348
Burgess, David | 0004 | MTC-00033588
Burgess, Harold | 0001 | MTC-00019880
Burgess, John | 0001 | MTC-00027758
Burgess, Ted | 0001 | MTC-00009552
Burgin, Dan | 0002 | MTC-00026655
Burgjohann, Kevin | 0001 | MTC-00019931
Burgoyne, Andrew | 0001 | MTC-00003543
Burik, John | 0001 | MTC-00003137
Burk, Fred | 0001 | MTC-00025938
Burk, Richard | 0002 | MTC-00016817
Burke, Andrew | 0001 | MTC-00018087
Burke, Gem | 0003 | MTC-00032805
Burke, Greg | 0001 | MTC-00020803
Burke, John | 0001 | MTC-00029573
Burke, Kahli R. | 0002 | MTC-00017614
Burke, Matt | 0001 | MTC-00015120
Burke, Robert | 0002 | MTC-00023237
Burke, Sean | 0001 | MTC-00016951
Burkeland, Paul | 0001 | MTC-00004508
Burkert, Lisa | 0001 | MTC-00031504
Burkett, Larry | 0001 | MTC-00009438
Burkett, Steve; Jen | 0001 | MTC-00000193
Burkhalter, Gerald | 0001 | MTC-00031308
Burkhardt, Joseph | 0001 | MTC-00027049
Burkhart, Alex | 0001 | MTC-00009484
Burkholder, Peter | 0002 | MTC-00014750
Burks, Doug | 0001 | MTC-00015733
Burksdale, Edwin | 0001 | MTC-00029728
Burland, Brad | 0001 | MTC-00003991
Burleigh, Jack | 0001 | MTC-00008037
Burley | 0001 | MTC-00013193
Burling, Daniel | 0001 | MTC-00030228
Burlingame, Jack | 0001 | MTC-00028829
Burmeister, Frances A. | 0001 | MTC-00025135
Burnaman, Bruce D. | 0001 | MTC-00017515
Burnell, Jeff | 0001 | MTC-00024406
Burnes, Harvey | 0001 | MTC-00030233
Burnett, Marr Michael | 0001 | MTC-00017344
Burnfield, Keran | 0001 | MTC-00016797
Burnop, George | 0001 | MTC-00031331
Burns, Jack | 0002 | MTC-00004512
Burns, John E. | 0001 | MTC-00011464
Burns, Robert | 0001 | MTC-00008649
Burnstein, Dan | 0001 | MTC-00000411
Burokas, Anthony | 0001 | MTC-00001206
Burr, David | 0001 | MTC-00027096
Burr, Helmut | 0002 | MTC-00026637
Burrell, Nelson | 0001 | MTC-00025238
Burress, Bob | 0001 | MTC-00008226
Burrill, Adam | 0002 | MTC-00020354
Burrington, Brian | 0002 | MTC-00017136
Burris, Fred | 0001 | MTC-00030132
Burroughs, David | 0001 | MTC-00030105
Burroughs, Josh | 0001 | MTC-00018002
Burrous, Rocky C. | 0001 | MTC-00009217
Burroway, John | 0001 | MTC-00015813
Burrows, Ben | 0001 | MTC-00025613
Burrus, Fletcher and Jerry | 0001 | MTC-00007200
Burson, Jesse | 0002 | MTC-00015566
Burstein, Elizabeth | 0001 | MTC-00027564
Burstyn, Harold | 0001 | MTC-00011262
Burt, Gabe | 0001 | MTC-00003650
Burt, Gary | 0001 | MTC-00003582
Burt, Jack | 0002 | MTC-00031466
Burton, Brian | 0002 | MTC-00000262
Burton, Britt D. | 0001 | MTC-00000457
Burton, Diana | 0001 | MTC-00008804
Burton, Gigi | 0001 | MTC-00028444
Burton, Joshua W. | 0001 | MTC-00015300
Bury, Christine | 0001 | MTC-00031396
Busboom, Eric | 0001 | MTC-00016214
Busby, Damian | 0001 | MTC-00024206
Busby, Eric | 0001 | MTC-00025124
Busby, Lee | 0001 | MTC-00023745
Busby, Lee E. | 0002 | MTC-00032012
Busby, Scott | 0001 | MTC-00019923
Busch, W. | 0001 | MTC-00027216
Bush, Bambi | 0002 | MTC-00033638
Bush, Mike | 0001 | MTC-00015502
Bush, Robert | 0002 | MTC-00033637
Bush, Ronald J. | 0001 | MTC-00007709
Bushee, J. W. | 0001 | MTC-00009156
Bushee, James W. | 0001 | MTC-00030802
Bushnell, David | 0002 | MTC-00019928
Buskey, Tom | 0001 | MTC-00015263
Buss, Bob | 0001 | MTC-00005438
Buss, Jim an dMArian | 0001 | MTC-00025232
Bustamante, Jose | 0003 | MTC-00029430
Buswinka, Helen | 0001 | MTC-00030157
Butcher, Ken | 0001 | MTC-00001697
Butcher, M. | 0001 | MTC-00022505
Buterbaugh, Kevin | 0002 | MTC-00005060
Butler, Benny | 0002 | MTC-00003754
Butler, Brandon | 0001 | MTC-00015897
Butler, Charlie | 0001 | MTC-00029936
Butler, Craig | 0001 | MTC-00008542
Butler, Daman | 0002 | MTC-00014623
Butler, David | 0001 | MTC-00013761
Butler, Ed | 0001 | MTC-00006814
Butler, Jeremy | 0001 | MTC-00010064
Butler, John | 0001 | MTC-00021384
Butler, Ken | 0001 | MTC-00002815
Butler, Kevin | 0001 | MTC-00016409
Butler, Larry | 0001 | MTC-00007098
Butler, R. M. | 0001 | MTC-00008799
Butler, Sarah | 0001 | MTC-00026046
Butler, Stephen | 0001 | MTC-00012921
Butler, Sylvia Bailey | 0001 | MTC-00026705
Butler, Tani | 0001 | MTC-00027374
Butler, Travis | 0002 | MTC-00014632
Butler-Lee, Sean | 0001 | MTC-00006581
Buttars, Jeff | 0001 | MTC-00018302
Buttarsi, D. Chris | 0001 | MTC-00014360
Buttel, John | 0001 | MTC-00007680
Butter, Mario | 0001 | MTC-00026792
Butter, Robert L. | 0002 | MTC-00028045
Butterfield, Tim | 0001 | MTC-00017069
Butterworth, Herb | 0001 | MTC-00012541
Button, James | 0002 | MTC-00005232
Button, Robert M. | 0001 | MTC-00024909
Butts, Carter | 0002 | MTC-00018206
Buxton, Bill | 0001 | MTC-00010832
Buxton, Chris | 0001 | MTC-00013403
Buzzini, Blake | 0001 | MTC-00004549
Buzzini, Blake | 0001 | MTC-00008152
Byde, Jennifer | 0001 | MTC-00030096
Byer, Mike | 0001 | MTC-00030360
Byerly, De | 0002 | MTC-00031168
byers, Ian | 0001 | MTC-00018919
Bykowski, Raymond | 0002 | MTC-00032278
Byles, Nancy | 0001 | MTC-00026329
Byll-Paul, Evelyne N. | 0001 | MTC-00029755
Byng-Clark, Adrian | 0002 | MTC-00004988
Byng-Clarke, Adrian | 0003 | MTC-00004089
Byrd, Betsy | 0001 | MTC-00016855
Byrd, Brendan | 0001 | MTC-00016663
Byrd, Don | 0001 | MTC-00020947
Byrd, Frank | 0001 | MTC-00009031
Byrd, Kelly | 0001 | MTC-00016358
Byrkit, George | 0001 | MTC-00005260
Byrne, Sam | 0001 | MTC-00017709
Byrne, Tom | 0002 | MTC-00006026
Byrns, Jason | 0001 | MTC-00018834
Byrns, Mike | 0001 | MTC-00028004
C, James | 0001 | MTC-00000804
C, Jan | 0001 | MTC-00007558
C., Jeff | 0001 | MTC-00016103
C., Miles | 0002 | MTC-00028439
C., Wade | 0001 | MTC-00021825
Cable, Chuck | 0001 | MTC-00007614
Cabrera, Joe | 0001 | MTC-00013163
Cacciato, Richard | 0001 | MTC-00021848
Cachelin, Arnie | 0001 | MTC-00000116
Cacioppi, Peter J. | 0004 | MTC-00012815
Cadematori, K. | 0001 | MTC-00007693
Cadsan, Richard L. | 0002 | MTC-00029462
Cage, Russell | 0002 | MTC-00004539
Cagle, Phil | 0001 | MTC-00026142
Cahall, Robert | 0001 | MTC-00008027
Cahill, Katherine | 0003 | MTC-00029247
Cahill, Kevin | 0002 | MTC-00002119
Cahill, Yvonne | 0001 | MTC-00031126
Caicedo, Margarita | 0002 | MTC-00030197
Cain, Michael E. | 0001 | MTC-00003860
Cairns, Gerry | 0002 | MTC-00033458
Caissie, Leo | 0002 | MTC-00033653
Calandrino, Stephen | 0002 | MTC-00028320
Calapai, Andrew | 0003 | MTC-00029377
Calder, Ryan | 0002 | MTC-00015914
Caldwell, Brad | 0001 | MTC-00002078
Caldwell, Christopher | 0002 | MTC-00019591
Caldwell, David | 0001 | MTC-00017346
Caldwell, Jeff | 0003 | MTC-00016136
Caldwell, Kack | 0001 | MTC-00017846
Caldwell, Kathy | 0001 | MTC-00000376
Caldwell, Russell | 0001 | MTC-00009027
Calegari, Danny | 0001 | MTC-00017072
Calese, Patricia | 0001 | MTC-00020828
calexander1@
satx.rr.com | 0001 | MTC-00017246
Calhoun, Robert | 0006 | MTC-00025038
Calia, Maryann | 0002 | MTC-00024960
Call, Jonathan | 0001 | MTC-00015997
Callahan Jr.., Vincent F. | 0002 | MTC-00031174
Callahan, Brooke | 0001 | MTC-00017133
Callahan, Sean | 0001 | MTC-00011603
Callaway, Charles | 0002 | MTC-00015260
Callaway, John | 0002 | MTC-00019414
Calle, Juan D. | 0002 | MTC-00029734
Calle, Olivier | 0001 | MTC-00027528
Calle, Olivier | 0002 | MTC-00033569
Callewaert, Jonas | 0001 | MTC-00022878
Callum, Ian | 0001 | MTC-00015504
Calmes, Robert E. (Dr. and Mrs.) | 0001 | MTC-00029513
Caloz, Tom | 0001 | MTC-00004873
Calton, Nicholas | 0002 | MTC-00018100
Calvert, Chris | 0001 | MTC-00013123
Calvin, Richard | 0001 | MTC-00030124
Cambron, Chris | 0001 | MTC-00003261
Cameron, Ian | 0001 | MTC-00019974
Cameron, Jonathan | 0001 | MTC-00018838
Cameron, William | 0001 | MTC-00019025
Camillo, Tomas Franklin | 0001 | MTC-00031446
Campa, Darwin | 0001 | MTC-00013393
Campbell, Alan | 0001 | MTC-00027050
Campbell, arlter | 0001 | MTC-00028969
Campbell, Brian | 0001 | MTC-00018775
Campbell, Bruce | 0001 | MTC-00020134
Campbell, Bryan | 0012 | MTC-00027871
Campbell, Chuck | 0001 | MTC-00013476
Campbell, Dave | 0001 | MTC-00017949
Campbell, Dick A. | 0001 | MTC-00010423
Campbell, Don | 0001 | MTC-00027878
Campbell, Doug | 0001 | MTC-00005345
Campbell, James J. | 0001 | MTC-00029711
Campbell, Jason | 0002 | MTC-00020328
Campbell, Jeb | 0002 | MTC-00003713
Campbell, Jeb | 0001 | MTC-00016966
Campbell, Joe | 0001 | MTC-00003702
Campbell, kay | 0001 | MTC-00022813
Campbell, Kent | 0001 | MTC-00031669
Campbell, Larry | 0003 | MTC-00014382
Campbell, Marc | 0001 | MTC-00019060
Campbell, Patrick | 0001 | MTC-00025050
Campbell, Paul | 0001 | MTC-00022445
Campbell, Rachel (Dave) | 0001 | MTC-00000619
Campbell, Randall | 0001 | MTC-00023608
Campbell, Stephen | 0001 | MTC-00005921
Campisi, John | 0001 | MTC-00023901
Canaday, Bill | 0002 | MTC-00005019
Canaday, Glen | 0001 | MTC-00019065
Canady, DeArmand | 0001 | MTC-00014622
Canann, Alyssa | 0001 | MTC-00025005
Cancro, Art | 0001 | MTC-00015474
Candan, Charlie | 0001 | MTC-00031476
Candell, Eric | 0001 | MTC-00009174
Cander, Daniel | 0001 | MTC-00016810
Canfield, Thomas | 0002 | MTC-00028039
Canin, Brian | 0005 | MTC-00003564
Cannefax, Raymond | 0002 | MTC-00006942
Cannon, Dan | 0001 | MTC-00007856
Cannon, Dan | 0002 | MTC-00004598
Cannon, Dave | 0001 | MTC-00007416
Cannon, Dave | 0001 | MTC-00011675
Cannon, Steve | 0001 | MTC-00018315
Cano, Orlando | 0002 | MTC-00022522
Cantrell, Paul | 0001 | MTC-00028262
Cantwell, Jerry | 0001 | MTC-00017684
Cantwell, Robert | 0002 | MTC-00015811
Capehart, Michael | 0001 | MTC-00027490
Capel, Sarah | 0001 | MTC-00030219
Caplan, Philip | 0001 | MTC-00001184
Capoeman, Ben | 0001 | MTC-00018596
Capone, Anthony | 0001 | MTC-00031742
Capone, Joseph M. | 0001 | MTC-00031042
Capone, Vin | 0001 | MTC-00024013
Capp, Jim | 0001 | MTC-00023658
Cappielo, Patricia | 0001 | MTC-00009175
Capps, Gary | 0001 | MTC-00015410
Capps, Steve and Linnea | 0002 | MTC-00030474
Caprioli, Paul | 0001 | MTC-00026306
Carapetyan, Pete | 0001 | MTC-00010644
Carberry, Bridget | 0006 | MTC-00014487
Carberry, Reve | 0001 | MTC-00008133
Carbliss, R. J. | 0001 | MTC-00014723
Carbott, Chris | 0001 | MTC-00008408
Cardena, Victor | 0001 | MTC-00019015
Cardona, Julio | 0001 | MTC-00001766
Cardona, Julio | 0001 | MTC-00013677
Cardwell, Steve | 0001 | MTC-00021073
Carel, David | 0001 | MTC-00014070
Carey, Adrian D. | 0001 | MTC-00025526
Carey, Bryce | 0001 | MTC-00028322
Carey, John | 0001 | MTC-00030380
Carey, John | 0002 | MTC-00026394
Carey, John L. & Patricia A. | 0002 | MTC-00008138
Carey, Raymond A. | 0001 | MTC-00006317
Carim, Hatim | 0001 | MTC-00006258
Carimer, Alan F. | 0001 | MTC-00015091
Carl, Steve | 0001 | MTC-00003061
Carlen, Ronald | 0002 | MTC-00033448
Carleton, Jim | 0002 | MTC-00030505
Carlin, Bob | 0002 | MTC-00022179
Carling, M. | 0001 | MTC-00016143
Carlsen, Carl | 0001 | MTC-00024959
Carlson, Bill | 0001 | MTC-00030464
Carlson, Bonnie | 0001 | MTC-00012368
Carlson, Carl J. | 0001 | MTC-00030394
Carlson, Christopher | 0001 | MTC-00018713
Carlson, Dale | 0001 | MTC-00016545
Carlson, David | 0001 | MTC-00010237
Carlson, David J. | 0001 | MTC-00002091
Carlson, Don | 0001 | MTC-00028411
Carlson, Don | 0001 | MTC-00005606
Carlson, Eric | 0001 | MTC-00016002
Carlson, Richard | 0001 | MTC-00025854
Carlson, Robert | 0003 | MTC-00010710
Carlson, Ron | 0001 | MTC-00001242
Carlson, Syd and Mary | 0001 | MTC-00000360
Carlson, Tim | 0001 | MTC-00010225
Carlson, Trevor | 0001 | MTC-00030699
Carlton, Dana Alan | 0001 | MTC-00014040
Carlton, Phil | 0001 | MTC-00033844
Carman, Chris | 0001 | MTC-00028732
Carman, Chris | 0002 | MTC-00028718
Carmichael, Curtis | 0001 | MTC-00003552
Carmody, Victor and Marjorie | 0001 | MTC-00026288
Carnell, Jeff | 0001 | MTC-00018768
Carnes, Patrick | 0001 | MTC-00006630
Carnese, Dan | 0001 | MTC-00027511
Carney, Lauren | 0001 | MTC-00033847
Carney, Paul | 0001 | MTC-00026712
Caron, Martin | 0001 | MTC-00000634
Caron, Martin | 0001 | MTC-00008948
Carpenter, Andrew | 0001 | MTC-00020124
Carpenter, Bonnie | 0001 | MTC-00031204
Carpenter, Bryan | 0002 | MTC-00016078
Carpenter, Craig | 0001 | MTC-00004171
Carpenter, Ernest | 0001 | MTC-00032035
Carpenter, Matthews | 0002 | MTC-00017166
Carpenter, Randy | 0001 | MTC-00015933
Carpenter, Rodger and Carol | 0002 | MTC-00029941
Carr, Christopher | 0001 | MTC-00014235
Carr, Jeremy | 0001 | MTC-00005172
Carr, Joel | 0001 | MTC-00017473
Carr, Lisa | 0001 | MTC-00016069
Carr, Steve | 0002 | MTC-00026180
Carr, Thomas W. | 0001 | MTC-00004464
Carrara, Mark | 0001 | MTC-00004744
Carrarie, Robert | 0001 | MTC-00002620
Carraway, Devin | 0002 | MTC-00017507
Carreiro, Frank | 0002 | MTC-00004718
Carrier, Kathryn J. | 0001 | MTC-00010955
Carrin, Robert G. | 0001 | MTC-00008102
Carrington, Dan | 0003 | MTC-00028518
Carroll, Christopher | 0001 | MTC-00024884
Carroll, Jack | 0005 | MTC-00002747
Carroll, Joe | 0001 | MTC-00025978
Carroll, John | 0002 | MTC-00033477
Carroll, Paul | 0001 | MTC-00001576
Carroll, Thomas | 0002 | MTC-00029919
Carruth, Rusty | 0002 | MTC-00025074
Carruthers, Wayne | 0002 | MTC-00009867
Carruthers, Wayne | 0002 | MTC-00032513
Carsey, Diana | 0001 | MTC-00025893
Carson, David | 0001 | MTC-00009986
Cartagina, Norbert | 0002 | MTC-00003733
cartath@ juno.com | 0001 | MTC-00010433
Carter, Brett | 0001 | MTC-00017259
Carter, Davin | 0001 | MTC-00015655
Carter, E. Andre | 0002 | MTC-00027745
Carter, Eric | 0001 | MTC-00016996
Carter, James | 0002 | MTC-00000241
Carter, John | 0001 | MTC-00007148
Carter, Stuart | 0002 | MTC-00004150
Carter-Tod, David | 0001 | MTC-00018182
Cartier, Philip | 0001 | MTC-00011252
Cartin, John | 0001 | MTC-00016543
Cartwright-Smith, Jeff | 0001 | MTC-00000369
Carty, Liberty | 0001 | MTC-00029669
Caruduff, John | 0001 | MTC-00024557
Carver, Chris | 0002 | MTC-00014387
Carver, Jeremy | 0001 | MTC-00031599
Carver, Keith | 0001 | MTC-00014946
Casavant, Brent | 0004 | MTC-00033406
Casavant, Brian | 0004 | MTC-00023938
Case, Coe W. | 0001 | MTC-00001658
Case, Robert Maxwell | 0001 | MTC-00019041
Casebere, Joeanne | 0001 | MTC-00007627
Casey, Donald S. | 0001 | MTC-00013703
Casey, Kevin | 0001 | MTC-00011574
Cash, Elizabeth | 0001 | MTC-00030383
Cash, Mary-Margaret | 0001 | MTC-00030719
Cash, Walker R | 0001 | MTC-00030367
Cashman, Harlan W. | 0001 | MTC-00009954
Cashman, Will | 0001 | MTC-00013360
Cashwell, Judy | 0001 | MTC-00007162
Cason, Alice | 0001 | MTC-00031460
Casper, H.R. | 0001 | MTC-00025001
Cassady, Carol T. | 0002 | MTC-00019436
Cassandra, Anthony R. | 0001 | MTC-00017750
Cassell, Chris | 0002 | MTC-00001356
Cassidy, Dennis | 0001 | MTC-00028823
Cassidy, Jim | 0001 | MTC-00016627
Cassidy, Merilyn | 0001 | MTC-00009022
Casso, Julie | 0001 | MTC-00009120
Castagliola, Leonard and Vanessa | 0002 | MTC-00028205
Castagliola, Vanessa | 0001 | MTC-00029974
Castaldo, tony | 0001 | MTC-00004186
Casteel, Michael | 0002 | MTC-00020151
Castejon-Amenedo, Jose | 0002 | MTC-00004941
Castelein, John | 0002 | MTC-00014749
Castellanos | 0001 | MTC-00031656
Casten, Brian J. | 0001 | MTC-00027204
Caster, Chase | 0001 | MTC-00018868
Casti, David | 0001 | MTC-00003812
Castiglioni, Rosalinda S. | 0001 | MTC-00006443
Castle, Paul | 0001 | MTC-00007018
Castle, Paul | 0001 | MTC-00031916
Castleberry III, Kelly | 0001 | MTC-00007620
Castleberry, Jim | 0001 | MTC-00018502
Castro, David | 0001 | MTC-00017121
Caswell, Jane | 0001 | MTC-00031542
Catalano, Andy | 0001 | MTC-00018888
catemilano@ aol.com | 0001 | MTC-00017313
Catfish | 0001 | MTC-00024910
Cathey, Mike | 0001 | MTC-00015475
Cathey, Spencer | 0001 | MTC-00019502
Cato, Vaughn | 0001 | MTC-00022267
Catron, Norwood | 0002 | MTC-00028458
Catt, Dennis | 0002 | MTC-00027358
Caudill, Jon | 0001 | MTC-00021891
Caudle, Nicolas | 0001 | MTC-00015716
Caughey, Ginny | 0001 | MTC-00005975
Caugill, Michael | 0001 | MTC-00013396
Causey, Darlene | 0001 | MTC-00030397
Causey, Mike | 0002 | MTC-00014488
Cauvel | 0001 | MTC-00007851
Cavallaro, Raffael | 0002 | MTC-00003764
Cavanaugh, Claude | 0001 | MTC-00010992
Cavanaugh, Kevin | 0001 | MTC-00005329
Caveman | 0002 | MTC-00004684
Cawley, Christine | 0001 | MTC-00030227
Cawnell, Colin | 0001 | MTC-00015342
CC | 0001 | MTC-00001653
ccbannister@ home.com | 0001 | MTC-00014575
ccurtis@ pixxures.com | 0001 | MTC-00018516
cdaughtr@ | 0001 | MTC-00013815
cdbh | 0001 | MTC-00023775
Ceccheltini, Gerard | 0001 | MTC-00023530
Ceci, Lou | 0001 | MTC-00024517
CEJr48@ aol.com | 0001 | MTC-00007139
Celasquez, Fortunato | 0001 | MTC-00026118
Celis, Pedro | 0001 | MTC-00027529
Celis, Pedro | 0001 | MTC-00033570
Cemkenney@ msn.com | 0001 | MTC-00011310
Censky, Mary Ann | 0001 | MTC-00011759
Centaur, Mike | 0001 | MTC-00014945
Ceponis, Casey | 0001 | MTC-00007435
Cerrato, Joe | 0001 | MTC-00006560
Cervasio, Pete | 0002 | MTC-00018481
Cessna, Joel | 0001 | MTC-00005367
Ceton, David | 0002 | MTC-00033591
Chacon, Anthony Charles | 0001 | MTC-00013624
Chadick, Andrew | 0002 | MTC-00014776
Chadwick, Benjamin | 0001 | MTC-00020022
Chaffey, Michael | 0001 | MTC-00008715
Challis, Michael | 0001 | MTC-00015656
Chalmers, Morley | 0001 | MTC-00010818
Chalupnik, Tony | 0001 | MTC-00005138
Chamas, Joshua | 0002 | MTC-00002588
Chamberlain, Guthrie | 0001 | MTC-00009272
Chamberlain, Guthrie | 0001 | MTC-00027863
Chamberlain, Roger | 0002 | MTC-00014739
Chambers, Bob | 0001 | MTC-00020319
Chambers, James | 0001 | MTC-00011967
Chambers, Steve | 0001 | MTC-00000827
Chamblee, John F. | 0001 | MTC-00019995
Chambless, Bill | 0001 | MTC-00031609
Chamness, John | 0001 | MTC-00006240
Chan, Chun-Wai | 0001 | MTC-00033826
Chan, Clayton S. | 0001 | MTC-00017495
Chan, R. S. | 0001 | MTC-00002397
Chan, Steve | 0001 | MTC-00007034
Chan, Tina | 0001 | MTC-00011710
Chance, Jeffrey | 0001 | MTC-00005600
Chance, Mary | 0001 | MTC-00007871
Chandler, R. A. | 0001 | MTC-00007127
Chandler, Trey | 0001 | MTC-00017690
Chandra, Sanjay | 0002 | MTC-00023036
Chandra, Sanjay | 0001 | MTC-00032034
Chaney, Adam | 0002 | MTC-00019402
Chaney, Evan | 0001 | MTC-00000853
Chaney, Gael Marshall | 0001 | MTC-00016891
Chaney, Kenneth | 0001 | MTC-00027181
Chaney, Marshall | 0001 | MTC-00017766
Chang, Chun | 0001 | MTC-00032006
Chang, Chung | 0001 | MTC-00029722
Chang, David | 0001 | MTC-00029632
Chang, Erik | 0001 | MTC-00020719
Chang, Ken | 0001 | MTC-00011180
Chang, Loren | 0001 | MTC-00025634
Chang, Robert K. | 0001 | MTC-00027435
Changaris, Jim | 0001 | MTC-00023997
Channic, Tom | 0001 | MTC-00016158
Chapman, Barney | 0001 | MTC-00030021
Chapman, Murray | 0001 | MTC-00000150
Chapman, Nicholas | 0005 | MTC-00030945
Chapman, Norman | 0001 | MTC-00025367
Chapman, Norman | 0001 | MTC-00007252
Chapman, Robert | 0001 | MTC-00007590
Chapman, Tom | 0001 | MTC-00001018
Chappel, David A. | 0002 | MTC-00018215
Chappell, John and Susan | 0002 | MTC-00026048
Chapra, Samoer | 0001 | MTC-00026833
Chard, Elliot F. | 0001 | MTC-00025553
Charest, Elie | 0002 | MTC-00013372
Charlap, David | 0001 | MTC-00018135
Charles Tower | 0001 | MTC-00019724
Charles, George | 0002 | MTC-00019575
Charles, Helchie | 0001 | MTC-00024954
Charles, Helen | 0001 | MTC-00005275
Charles, Robert F. | 0001 | MTC-00001162
Charles@
neinstatler.com | 0001 | MTC-00010416
Charlwood, Aaron | 0001 | MTC-00016361
Charpie, Wesley | 0002 | MTC-00025878
Charrier, Michael | 0002 | MTC-00020808
Charton, Linda and Jack | 0001 | MTC-00006501
Chas433@ aol.com | 0001 | MTC-00005067
Chase, Ben | 0002 | MTC-00000318
Chasick, Jeff | 0006 | MTC-00023559
Chastain, Robert | 0001 | MTC-00015322
Chastarn, Howard C. | 0001 | MTC-00013578
Chathan, Andrew | 0001 | MTC-00014909
Chatman, Susan | 0001 | MTC-00028512
Chatman, Todd | 0001 | MTC-00026430
Chatterjee, Sunil | 0001 | MTC-00029937
Chauvin, Joseph | 0001 | MTC-00005914
Chavasse, Cathy | 0001 | MTC-00010999
Chaves, Amy | 0001 | MTC-00014759
Chaves, Chris | 0001 | MTC-00014816
Cheadle, Tucker | 0001 | MTC-00005444
Cheadle, Tucker | 0001 | MTC-00022390
Cheatwood, Eric | 0002 | MTC-00032205
Checkner, Simon | 0001 | MTC-00026319
Cheetham, Robert | 0001 | MTC-00012774
Cheezem, James | 0001 | MTC-00017449
Chemcraft@ aol.com | 0003 | MTC-00006879
Chen, Curtis | 0001 | MTC-00018070
Chen, Curtis C. | 0001 | MTC-00018034
Chen, David | 0001 | MTC-00005578
Chen, Edwina | 0001 | MTC-00018059
Chen, HAo | 0001 | MTC-00030007
Chen, Jy-Ying Janet | 0001 | MTC-00017747
Chen, Kelly | 0001 | MTC-00005667
Chen, Shane | 0002 | MTC-00027159
Chen-Becker, Derek | 0001 | MTC-00004726
Cheng, Haichen | 0001 | MTC-00011780
Cheng, S. | 0002 | MTC-00012807
Cheng, Tao | 0001 | MTC-00029888
Cheng, Wen-Ching | 0001 | MTC-00005324
Cherby, Anthony | 0001 | MTC-00007015
Chernipski, Gary | 0002 | MTC-00023358
Cheronis, George | 0001 | MTC-00007970
Cherrington, Aaron | 0001 | MTC-00023329
Cherry, Carter | 0001 | MTC-00006504
Cherry, Carter M. | 0001 | MTC-00000648
Cherry, Rozann | 0001 | MTC-00031422
Cherylbur@ aol.com | 0001 | MTC-00009114
Chesney, Dennis | 0001 | MTC-00025796
Cheung, Deanna | 0001 | MTC-00023344
Cheung, Marc | 0001 | MTC-00009588
Cheungmd@ aol.com | 0001 | MTC-00023323
Cheuoweth, C. C. | 0001 | MTC-00020300
Cheyenne | 0001 | MTC-00005366
Chiang, Ted | 0001 | MTC-00018058
Chiappetta, Linda N. | 0001 | MTC-00007131
Chiarodit, Thomas | 0001 | MTC-00019971
Chiat, Henry | 0001 | MTC-00008641
Chichester, Ronald L. | 0004 | MTC-00027366
Chicks, Mona | 0001 | MTC-00008661
Chidiac, J ohnny | 0001 | MTC-00026872
Chief Chief | 0001 | MTC-00000611
Chierici, Gary | 0001 | MTC-00007899
Chiesa, Alfred | 0002 | MTC-00019113
Chikalla, Ronald | 0002 | MTC-00030075
Chiko, Brian | 0001 | MTC-00019431
Childers, Larry | 0001 | MTC-00016747
Childerston, Nancy | 0001 | MTC-00022491
Childs, Brian | 0001 | MTC-00017984
Childs, Marian | 0001 | MTC-00010627
Chilson, Timothy R. | 0002 | MTC-00028866
Chilson, Todd | 0001 | MTC-00004589
Chin, Boleley | 0001 | MTC-00026580
Chin, Eduardo | 0001 | MTC-00009045
Chin, Irene and Danny | 0002 | MTC-00029952
Ching, Ellen | 0001 | MTC-00005733
Chiofolo, Carl | 0001 | MTC-00030785
chip@ the-altmans.net | 0002 | MTC-00027823
Chipka, Avery | 0001 | MTC-00003339
Chirico, Grace | 0001 | MTC-00033839
Chironis, George | 0001 | MTC-00011688
Chiruvolu, Vikram | 0003 | MTC-00022834
Chiselm, Paul | 0002 | MTC-00023524
Chittenden, Dean | 0001 | MTC-00031688
Chittenden, Steve | 0001 | MTC-00011783
Chiu, Sharon | 0001 | MTC-00010980
Cho, Dong Hyub | 0001 | MTC-00027284
Choate, B. Paul | 0001 | MTC-00012848
Choate, Betty | 0001 | MTC-00006336
Chojnacki, Leon | 0001 | MTC-00008508
Chong, George | 0001 | MTC-00019054
Chongsiriwatana, Songsdhit | 0001 | MTC-00013498
Chopp, Frank | 0002 | MTC-00031983
Chou, Mark | 0001 | MTC-00020419
Choudhary, Karulal | 0002 | MTC-00004260
Chow, Benson | 0002 | MTC-00027503
Chowdhury, Edward | 0001 | MTC-00015792
Chretien, Jerry | 0001 | MTC-00019610
Chris | 0001 | MTC-00000446
Chris | 0001 | MTC-00027908
Chris, C. | 0001 | MTC-00032347
Chrisitie, David | 0001 | MTC-00023179
Christ, Alex | 0001 | MTC-00001494
Christ, Peter | 0001 | MTC-00007061
Christansen | 0001 | MTC-00016828
Christello, Patricia | 0001 | MTC-00030092
Christens-Barry, Bill | 0001 | MTC-00015719
Christensen, Clark | 0001 | MTC-00016573
Christensen, Clayton L. | 0001 | MTC-00007560
Christensen, David | 0001 | MTC-00025781
Christensen, Marty | 0001 | MTC-00006801
Christensen, Todd | 0001 | MTC-00033656
Christian, Baren | 0001 | MTC-00030195
Christian, Dan | 0001 | MTC-00017025
Christian, Dorothy | 0001 | MTC-00030196
Christian, Edwin F. | 0001 | MTC-00005137
Christian, Julia | 0001 | MTC-00017171
Christian, Karen | 0001 | MTC-00029778
Christiansen, Mark | 0001 | MTC-00025859
Christie, Daniel L. | 0001 | MTC-00005771
Christie, Daniel L. | 0001 | MTC-00001813
Christie, John | 0001 | MTC-00015284
christine—doerr@
hotmail.com | 0001 | MTC-00024768
Christman, Gregg | 0001 | MTC-00013744
Christman, Gregg | 0001 | MTC-00025531
Christmen, Robert W. | 0001 | MTC-00029568
Christoff, Matt | 0001 | MTC-00015156
Christoff, Matt | 0001 | MTC-00015165
Christofferson, Brett | 0002 | MTC-00000645
Christofferson, Neils | 0001 | MTC-00012790
CHristophel, Craig | 0001 | MTC-00014862
Christopher, Anthony | 0003 | MTC-00031593
Christopher, Ivar | 0001 | MTC-00018208
Christopher, Tony | 0002 | MTC-00028042
Christy, Bill | 0001 | MTC-00011453
Chrusciel, Robert | 0001 | MTC-00007043
Chu, John | 0001 | MTC-00020198
Chua, Jose | 0001 | MTC-00014955
ChuchHlehl@ aol.com | 0001 | MTC-00009549
ChuckMor@ aol.com | 0001 | MTC-00019594
Chun, Rodney | 0004 | MTC-00027313
Chundrlek | 0001 | MTC-00016616
Churchill, Charles | 0001 | MTC-00016334
Churchill, Victor | 0001 | MTC-00002749
Chyttacek, Mike | 0001 | MTC-00003977
Cicero, Carol | 0001 | MTC-00007083
Ciconte, Joe | 0001 | MTC-00005110
Cieola, Jon | 0001 | MTC-00015298
Cilley, Herb | 0001 | MTC-00008863
Cimenski, Auralia | 0001 | MTC-00010009
Cinnater, William | 0001 | MTC-00019102
Cipolla, Arthur F. | 0001 | MTC-00005754
Cirillo, Joe | 0001 | MTC-00011507
Cirtin, Arnold | 0001 | MTC-00031766
Cismowski, Lonnie J. | 0001 | MTC-00013989
Citizens for a Sound Economy | 0072 | MTC-00029886
Citti, John G. | 0001 | MTC-00007455
Cizerle, Tony | 0002 | MTC-00025117
CJ | 0001 | MTC-00002960
cjchris@
home.msen.com | 0001 | MTC-00014327
CJGX@ aol.com | 0001 | MTC-00006550
cjscaparo@ juno.com | 0001 | MTC-00011135
Claasen, Ben | 0002 | MTC-00030822
Clabaugh, Jert | 0003 | MTC-00025094
Claborn, Gilbert | 0001 | MTC-00011657
Claburn, Thomas | 0001 | MTC-00019210
Claggett, Eric | 0001 | MTC-00006778
Claninger, Bob | 0001 | MTC-00013776
Clapp, Larry | 0001 | MTC-00024259
Clark, Bradley | 0001 | MTC-00002946
Clark, Brian | 0001 | MTC-00001449
Clark, Brian | 0001 | MTC-00013392
Clark, Conrad | 0001 | MTC-00015392
Clark, David | 0001 | MTC-00002488
Clark, David | 0001 | MTC-00023773
Clark, Doug | 0001 | MTC-00001923
Clark, Doug | 0001 | MTC-00027761
Clark, Eric | 0001 | MTC-00022806
Clark, James | 0002 | MTC-00007047
Clark, Jeffrey L. | 0003 | MTC-00022902
Clark, John | 0001 | MTC-00003572
Clark, Joshua | 0001 | MTC-00018134
Clark, Kevin | 0002 | MTC-00028054
Clark, Les | 0001 | MTC-00025127
Clark, Lynn | 0001 | MTC-00020291
Clark, Matthew J. | 0001 | MTC-00018476
Clark, Michael | 0002 | MTC-00015268
Clark, Miriana | 0001 | MTC-00024363
Clark, Nate | 0003 | MTC-00024568
Clark, Nick | 0001 | MTC-00012770
Clark, Robert | 0002 | MTC-00033497
Clark, Scott | 0001 | MTC-00025944
Clark, Shana | 0002 | MTC-00033634
Clark, Stan | 0001 | MTC-00029883
Clark, Steve | 0001 | MTC-00001333
Clark, T.D. | 0001 | MTC-00017287
Clark, Todd | 0001 | MTC-00012401
Clark, Tom | 0001 | MTC-00015736
Clarke, David | 0001 | MTC-00008488
Clarke, Joan | 0001 | MTC-00008243
Clarke, Joyce | 0001 | MTC-00026160
Clarke, Marcia M. | 0001 | MTC-00025725
Clarke, Rob | 0001 | MTC-00021116
Clarkson, Greg | 0001 | MTC-00002824
Clarkson, Greg | 0001 | MTC-00002802
Clarkson, Willy | 0001 | MTC-00021659
Classen, Ben | 0001 | MTC-00008657
Classen, Carl | 0001 | MTC-00006646
Clatterlouck, Thomas | 0001 | MTC-00007621
Clausen, Scott | 0001 | MTC-00021583
Clauset, Ethan | 0001 | MTC-00022125
Clavsnitzer, Scott | 0001 | MTC-00015906
Clawson, Scott | 0001 | MTC-00013053
Claxton, C. Porter | 0001 | MTC-00012556
Clay, Jesse L. | 0001 | MTC-00029996
Clay, John M. | 0001 | MTC-00001902
Claybaugh, Jonathan | 0002 | MTC-00000895
Clayton, Adam N. | 0001 | MTC-00018304
Clayton, Jon H. | 0002 | MTC-00033659
Clayton, Richard | 0001 | MTC-00027583
Clayton, Robert | 0001 | MTC-00028904
Claywell, Charles | 0002 | MTC-00005126
Clear, Temy | 0001 | MTC-00007194
Clearwater, Jeff | 0003 | MTC-00029272
Cleary, Stephan | 0001 | MTC-00018450
Cleaveland, Peter | 0001 | MTC-00004239
Cleef | 0001 | MTC-00005827
Clegg, Nathan | 0001 | MTC-00022136
Cleland, Thomas | 0001 | MTC-00021630
Clem, Anthony | 0002 | MTC-00031529
Clemens, Arlene M. | 0002 | MTC-00032009
Clemens, John D. Jr | 0002 | MTC-00032010
Clement, Carl J. | 0001 | MTC-00000605
Clement, Carl J. | 0001 | MTC-00011644
Clement, Charles S. | 0002 | MTC-00001443
Clements, James | 0001 | MTC-00015464
Clemins, Patrick | 0001 | MTC-00005579
Clemons, Charles | 0001 | MTC-00014252
Clemons, P. | 0001 | MTC-00012885
Clemson, james | 0001 | MTC-00023548
Clendenin, Gerald L. | 0001 | MTC-00031362
Cleverly, Jeff | 0001 | MTC-00019478
Clewley, Daniel T. | 0007 | MTC-00004523
Click, Kevin A. | 0001 | MTC-00001023
Cliff, James | 0001 | MTC-00008908
Clifford, Sean M. | 0001 | MTC-00017898
Clifton, Mark | 0001 | MTC-00008596
Clifton, Virginia | 0002 | MTC-00026086
Cline, Charles | 0001 | MTC-00008673
Cline, Ernie | 0002 | MTC-00004474
Cline, Peter | 0001 | MTC-00005580
Clinesmith, Dorothy | 0001 | MTC-00008103
Clinger, Deke | 0001 | MTC-00018884
Clinton, Thomas J. | 0001 | MTC-00005255
Clinton, Webb D. | 0002 | MTC-00028271
clintwood456@
juno.com | 0001 | MTC-00028113
Clodfelter, Ann | 0002 | MTC-00026711
Cloninger, Bob | 0001 | MTC-00002805
Cloninger, M. Charks | 0002 | MTC-00030864
Close, Eric | 0001 | MTC-00012896
Close, Scot | 0001 | MTC-00018927
Cloud, Daniel | 0001 | MTC-00013917
Clouse, William | 0001 | MTC-00000049
Cloyd, Nicholas | 0001 | MTC-00005521
Clucas, Edward | 0001 | MTC-00007092
Clunis, Stavros | 0001 | MTC-00019434
clvanouken@
mindspring.com | 0001 | MTC-00028213
Clyde, Ray | 0001 | MTC-00024346
Clyde.neih@
gene.ge.com | 0001 | MTC-00011413
CMayer | 0002 | MTC-00013790
CMS | 0001 | MTC-00025131
CMSarge@ aol.com | 0001 | MTC-00006405
Coad, Edwin E. | 0001 | MTC-00000119
Coan, Paul | 0001 | MTC-00015399
Coast Net | 0001 | MTC-00004183
Coats, Carlie | 0002 | MTC-00016669
Cobaugh, Eric | 0001 | MTC-00030967
Cobb, Chris | 0002 | MTC-00019952
Cobb, David A. | 0002 | MTC-00010530
Cobb, Paul and Theresa | 0001 | MTC-00030119
Cobb, Verlene | 0001 | MTC-00007488
Coburn, Jeff | 0001 | MTC-00017954
Cochran, John and BJ | 0002 | MTC-00026788
Cochran, Kenneth | 0001 | MTC-00027762
Cochrane, Dan | 0001 | MTC-00020582
Cochrane, Jarvis | 0002 | MTC-00026624
Cochrane, John | 0001 | MTC-00020551
Cocke, Michael W. | 0001 | MTC-00020549
Cocke, Nancy C. | 0001 | MTC-00031458
Cocking, John | 0001 | MTC-00019649
Cody, Barbara | 0001 | MTC-00011663
Coekaerts, Wim | 0001 | MTC-00003689
Coen, Donna | 0001 | MTC-00006241
Coen, Rob | 0001 | MTC-00018862
Coenen, Sascha | 0002 | MTC-00011088
Coetzee, Dirk | 0001 | MTC-00002561
Coffey, Maggie | 0001 | MTC-00003853
Coffin, Greg | 0002 | MTC-00002773
Coffing, Charles | 0001 | MTC-00016394
Cofoid, Jody | 0001 | MTC-00007130
Cog | 0001 | MTC-00023166
Coha, Alfred | 0001 | MTC-00014463
Cohen, Burton | 0007 | MTC-00022821
Cohen, Burton | 0005 | MTC-00027090
Cohen, C. Alexander | 0002 | MTC-00001505
Cohen, Daniel | 0002 | MTC-00018044
Cohen, Herb | 0001 | MTC-00006871
Cohen, Howard Allen | 0002 | MTC-00020534
Cohen, Michael E. | 0001 | MTC-00022458
Cohen, Shelly | 0001 | MTC-00007374
Cohen, Steve | 0003 | MTC-00004580
Cohen, Steve | 0001 | MTC-00007209
Cohick, Jeremiah | 0001 | MTC-00025120
Cohick, Nathan | 0001 | MTC-00017793
Cohn, Steve | 0001 | MTC-00001277
Coker, Dave | 0001 | MTC-00004425
Colassanti, Stefano | 0001 | MTC-00010299
Colburn, Todd | 0001 | MTC-00025771
Colburn, William | 0001 | MTC-00008031
Cole, MIchael | 0001 | MTC-00010583
Cole, Buzz | 0001 | MTC-00012703
Cole, Corey | 0001 | MTC-00022708
Cole, Jemal Eddin | 0001 | MTC-00014984
Cole, John | 0001 | MTC-00015673
Cole, Jonathan | 0001 | MTC-00016527
Cole, Marcus | 0001 | MTC-00016732
Cole, Nelson | 0001 | MTC-00031455
Cole, Richard | 0001 | MTC-00008544
Cole, Ryan | 0002 | MTC-00018317
Coleman | 0001 | MTC-00004059
Coleman, Bob | 0001 | MTC-00008752
Coleman, James | 0001 | MTC-00004557
Coleman, Jim | 0004 | MTC-00000736
colethompson@
netscape.net | 0001 | MTC-00019590
Colgan, Matt | 0001 | MTC-00018882
Colin, Stuart | 0001 | MTC-00023125
Collas, Juan | 0001 | MTC-00021069
Colle, Ian R. | 0001 | MTC-00013156
Collective Automatic Shoes | 0001 | MTC-00015859
Colley, Paul | 0001 | MTC-00004007
Collier, Mark and Pam | 0001 | MTC-00027224
Collier, W.A. | 0002 | MTC-00015901
Colligan, Andy | 0001 | MTC-00033343
Colligon, Leslie | 0001 | MTC-00032058
Collinge, Douglas J. | 0001 | MTC-00018017
Collins, Charles | 0001 | MTC-00014002
Collins, Chris | 0001 | MTC-00023197
Collins, Christine | 0001 | MTC-00030354
Collins, Daniel R. | 0002 | MTC-00015828
Collins, James | 0002 | MTC-00031715
Collins, Jason | 0001 | MTC-00017774
Collins, Jason | 0001 | MTC-00015173
Collins, Jeffrey | 0002 | MTC-00003719
Collins, Jeffrey G. | 0001 | MTC-00002544
Collins, Mark | 0002 | MTC-00031087
Collins, Mark | 0002 | MTC-00029921
Collins, Martin | 0001 | MTC-00007295
Collins, Michael P. | 0002 | MTC-00023955
Collins, Ned | 0001 | MTC-00007358
Collins, Pat | 0001 | MTC-00029575
Collins, Ray | 0001 | MTC-00027918
Collins, Scott | 0001 | MTC-00015427
Collins, Stanton E. | 0001 | MTC-00001304
Collins, tom | 0001 | MTC-00006777
Collins, William | 0001 | MTC-00018153
Collison, David L. | 0001 | MTC-00002431
Collison, Tom | 0001 | MTC-00007923
Collister, Mark | 0001 | MTC-00002834
Colmer, Ed | 0001 | MTC-00019286
Colombo, Charles | 0001 | MTC-00019956
Colonna, Norm | 0001 | MTC-00007891
Colonna, Norm | 0001 | MTC-00031777
Colson, Jay | 0001 | MTC-00013313
Colthorp, Bernita | 0002 | MTC-00010192
Colthorp, Drew | 0001 | MTC-00019429
Colussi, Kevin | 0002 | MTC-00004468
Colwell, Billy | 0002 | MTC-00009681
Colwell, Joshua | 0001 | MTC-00002459
Colyer, Matthew | 0001 | MTC-00019207
Combar, Fran | 0001 | MTC-00005843
Comcepcion, Eric | 0002 | MTC-00016708
Comeau, John C. | 0001 | MTC-00033697
Comfoltey, Gabirelle | 0002 | MTC-00026904
Comleson, David | 0002 | MTC-00000787
Commer, Bobby | 0002 | MTC-00005189
Commerford, Richard | 0001 | MTC-00007471
comp-jooe@ grnro.net | 0001 | MTC-00024260
Compton, Chris | 0001 | MTC-00004746
Compton, D. Woodrow | 0001 | MTC-00000548
Compton, Ken | 0001 | MTC-00028261
Compton, Rob | 0001 | MTC-00015135
Compton, Ted | 0001 | MTC-00020502
Compton, Zelia | 0001 | MTC-00007638
compu.help@
compuserve.com | 0002 | MTC-00013312
Conant, Phyllis | 0001 | MTC-00029355
Concogne, David | 0001 | MTC-00011151
Condes, Roger | 0001 | MTC-00015959
Condon, Tom | 0001 | MTC-00019983
Congdon, Brad | 0001 | MTC-00010132
Congdon, Richard | 0001 | MTC-00017888
Conger, Austin | 0001 | MTC-00013867
Conger, Chris A. | 0001 | MTC-00017457
Conger, Dave | 0001 | MTC-00006618
Conito, William A. | 0001 | MTC-00030050
Conklin, George | 0001 | MTC-00015412
Conklin, Kirk | 0002 | MTC-00005635
Conlan, Patrick | 0002 | MTC-00006720
Conley, David | 0001 | MTC-00009284
Connaugh, Phillip M. | 0002 | MTC-00011781
Connaught, Phillip M. | 0001 | MTC-00006852
Connaughton, James | 0001 | MTC-00031927
Connaughton, Jennifer | 0002 | MTC-00031928
Connelly, Paul | 0003 | MTC-00023825
Connelly, Paul | 0003 | MTC-00033346
Connelly, Peter | 0002 | MTC-00026372
Conner, Ben | 0001 | MTC-00017887
Conner, Donald | 0002 | MTC-00021006
Conner, Jeff | 0001 | MTC-00007395
Conner, Jessie | 0001 | MTC-00009609
Conners, Matt | 0001 | MTC-00019853
Connolly, Mark | 0002 | MTC-00018009
Connor, G. | 0001 | MTC-00000541
Connor, Kate | 0001 | MTC-00019417
Connors, William | 0003 | MTC-00016660
Conrad, Bill | 0001 | MTC-00031451
Conrad, Christopher | 0001 | MTC-00017659
Conrad, Ken | 0001 | MTC-00026947
Conrad, M ichael | 0001 | MTC-00012840
Conrad, Tom | 0001 | MTC-00005284
Consilvio, Steve | 0001 | MTC-00000365
Constant, Giles | 0001 | MTC-00000576
Constant, Giles | 0001 | MTC-00009361
Constant, Robert | 0001 | MTC-00004601
Constantine, John A. | 0002 | MTC-00003666
Consuegra, Mark | 0001 | MTC-00006450
Conte, Anthony | 0001 | MTC-00016005
Conte, Anthony R. | 0001 | MTC-00004402
Conte, Brian | 0001 | MTC-00003798
Conti, Reid | 0001 | MTC-00018723
Conti, Robert | 0002 | MTC-00007791
Contorer, Jay | 0001 | MTC-00007269
Conver, Marc | 0002 | MTC-00022916
Convery, Robert and Myrta | 0001 | MTC-00007304
Conway, Carol | 0001 | MTC-00029947
Conway, Gerry | 0001 | MTC-00002942
Conway, Henrietta | 0002 | MTC-00033515
Conway, M. | 0001 | MTC-00014989
Conway, Matthew | 0001 | MTC-00003810
Cooey, Tosh | 0002 | MTC-00003497
Cook, Andrew | 0001 | MTC-00004686
Cook, Brent | 0001 | MTC-00016113
Cook, Dale | 0002 | MTC-00014719
Cook, David | 0002 | MTC-00026648
Cook, Eric | 0001 | MTC-00016295
Cook, Eugene | 0002 | MTC-00014696
Cook, Glenn | 0001 | MTC-00022436
Cook, Jason | 0001 | MTC-00022535
Cook, Jason | 0001 | MTC-00025409
Cook, Jerry | 0001 | MTC-00022820
Cook, Joan Nims | 0001 | MTC-00026000
Cook, John | 0001 | MTC-00001869
Cook, Karl | 0001 | MTC-00001378
Cook, Mary Pilcher | 0001 | MTC-00029629
Cook, Mindi | 0001 | MTC-00029677
Cook, Ross | 0002 | MTC-00031411
Cook, Thom | 0001 | MTC-00006403
Cook, William | 0001 | MTC-00013097
Cooke, Darlene | 0002 | MTC-00030479
Cooke, Randall | 0001 | MTC-00000687
Cooke, Ronald R. | 0010 | MTC-00025027
Cooksey, Patricia R. | 0001 | MTC-00029957
Cooley, Richard | 0001 | MTC-00013135
Coolfr3ak | 0002 | MTC-00013155
Coolidge, Theodore | 0001 | MTC-00019044
Cooman, Ted M. | 0003 | MTC-00004825
Cooms, Chip | 0001 | MTC-00015838
Coon, Charles | 0001 | MTC-00008992
Coons, James C. | 0001 | MTC-00006459
Cooper, Carolyn | 0001 | MTC-00026103
Cooper, Charles | 0001 | MTC-00020906
Cooper, Jeff | 0001 | MTC-00013331
Cooper, Mendel | 0001 | MTC-00003595
Cooper, Owen | 0001 | MTC-00026720
Cooper, Richard | 0001 | MTC-00015439
Cooper, Ron | 0002 | MTC-00018149
Cooper, S. | 0001 | MTC-00019940
Cooper, Shawn | 0001 | MTC-00026689
Cooper, Tom | 0002 | MTC-00009606
Cope, Sean | 0001 | MTC-00005863
Copeland Jr, Richard D. | 0001 | MTC-00004775
Copeland, Alan | 0001 | MTC-00006065
Copeland, Dan | 0001 | MTC-00026964
Copeland, Loretta | 0001 | MTC-00020878
Copenhagen,Keith | 0001 | MTC-00018119
Coperhaver, James H. | 0001 | MTC-00006865
Copley, Larre | 0001 | MTC-00017023
Coppins, Mike | 0001 | MTC-00019264
Corayer, Chris | 0002 | MTC-00016544
Corayer, Chris | 0003 | MTC-00031814
Corbett, Ron | 0001 | MTC-00031902
Corbin, Alvin | 0001 | MTC-00025454
Corboy, Sharon | 0001 | MTC-00011501
Corcia, Vito | 0001 | MTC-00006310
Corcodilos, Nick A. | 0001 | MTC-00005582
Corcoran, George | 0001 | MTC-00007629
Corcoron, John | 0001 | MTC-00031210
Corcuera, Julian | 0001 | MTC-00020555
Cordeiro, Brock N. | 0001 | MTC-00009950
Corden, Ben | 0001 | MTC-00015198
Cordero, Miguel | 0001 | MTC-00030080
Cordon, Kenneth | 0001 | MTC-00029719
Corey, James | 0005 | MTC-00033408
Corey, James | 0004 | MTC-00023941
Corkins, A. | 0002 | MTC-00024510
Corkins, Bob | 0001 | MTC-00030308
Corkins, Bob L. | 0002 | MTC-00024723
Corkrum, Robert | 0001 | MTC-00007736
Corlis, Philip | 0001 | MTC-00013082
Corliss, Sean | 0002 | MTC-00016042
Cornejo, Peter | 0003 | MTC-00014151
Cornelisse, Terry | 0001 | MTC-00010265
Cornelius, Michael | 0001 | MTC-00021481
Corner, Lisa | 0001 | MTC-00024200
Cornett, Steven P. | 0001 | MTC-00015119
Cornwell, Jim | 0001 | MTC-00008665
Coroalles, Manolo | 0002 | MTC-00029732
Corona, Coco | 0001 | MTC-00031964
Corp, Bebu | 0001 | MTC-00010559
Corradini, Andrew | 0002 | MTC-00003873
Corrado, Nick | 0001 | MTC-00007418
Corrado, Tony | 0001 | MTC-00007479
Corran, Art | 0001 | MTC-00019376
Correia, Brian | 0001 | MTC-00014096
Corrigan, Patrick H. | 0001 | MTC-00010830
Corriher, Thomas | 0003 | MTC-00026018
Corsaro, Robert | 0001 | MTC-00030960
Cortale, Joe | 0001 | MTC-00011159
Cortale, Joseph | 0001 | MTC-00010855
Cortale, Joseph | 0002 | MTC-00014083
Cortesi, David | 0001 | MTC-00018094
Corwin, Loyd | 0001 | MTC-00006897
Cory, Paul | 0002 | MTC-00018545
Cosby, Shane | 0001 | MTC-00030402
Cosgrove, Nathaniel | 0001 | MTC-00017563
Coslor, Chris | 0001 | MTC-00017038
Costa, Bill | 0002 | MTC-00017029
Costa, Mark G. | 0001 | MTC-00005191
Costello, John H. | 0001 | MTC-00014695
Costillo, Alex | 0002 | MTC-00004673
Costilow, Ralph and Mary | 0001 | MTC-00014524
Cote, Francois | 0001 | MTC-00016340
Cotellese, Joe | 0001 | MTC-00017151
Cotey, Joe | 0001 | MTC-00025377
Cottingham, Dave | 0001 | MTC-00020074
Cotton, Steven A. | 0002 | MTC-00031368
Cottrell, Dennis | 0002 | MTC-00019394
Cottrill, Carole | 0001 | MTC-00010264
Couch, Blake | 0001 | MTC-00027527
Couey, Ronald | 0002 | MTC-00033641
Coughlin, Scott | 0001 | MTC-00016130
Coulter, Campbell | 0001 | MTC-00028952
counterprt@ aol.com | 0001 | MTC-00017234
Counts, Jared | 0001 | MTC-00020146
Coupe, Andrew | 0002 | MTC-00011546
Courington, Mike | 0001 | MTC-00016160
Courte, John | 0001 | MTC-00018055
Courtney, Charles | 0001 | MTC-00004894
Courtney, Daryl | 0001 | MTC-00014709
Cousins, Jay | 0001 | MTC-00023085
Coutermarsh, Mark | 0001 | MTC-00003211
Coutermarsh, Mark | 0002 | MTC-00030038
Covalucci, William | 0001 | MTC-00033706
Covele, John | 0001 | MTC-00001204
Coveman, Tom | 0001 | MTC-00033813
Coveney, Ron | 0001 | MTC-00027785
Cover, Drew | 0002 | MTC-00002721
Covert, Allen | 0001 | MTC-00012858
Covey, Matt | 0001 | MTC-00025502
Covin, Jonathan | 0001 | MTC-00015918
Cowan, Helen H. | 0001 | MTC-00013192
Cowan, John | 0002 | MTC-00025959
Cowan, Marylin | 0001 | MTC-00013770
Cowdery, C. | 0001 | MTC-00029913
Cowhig, John | 0001 | MTC-00029353
Cowie, James | 0002 | MTC-00015333
Cowlishaw, Mary Lou | 0001 | MTC-00030357
Cox, Aaron | 0001 | MTC-00018466
Cox, Bonnie | 0002 | MTC-00002570
Cox, Clif | 0001 | MTC-00024732
Cox, Curt | 0001 | MTC-00000759
Cox, Dennis | 0001 | MTC-00025486
Cox, Eric | 0001 | MTC-00000930
Cox, Frank | 0001 | MTC-00018408
Cox, Howard W. | 0001 | MTC-00025509
Cox, John | 0001 | MTC-00000260
Cox, John | 0001 | MTC-00000286
Cox, Paul | 0001 | MTC-00017462
Cox, Rich | 0001 | MTC-00016454
Cox, Roger | 0003 | MTC-00025936
Cox, Roger | 0001 | MTC-00025713
Cox, Steve | 0001 | MTC-00016860
Cox, Tim | 0001 | MTC-00013786
Cox, William | 0001 | MTC-00021616
Coxe, Rosanne | 0001 | MTC-00010137
Coyle, Michael | 0005 | MTC-00031561
Coyle, Michael | 0001 | MTC-00016432
Crabtree, Aaron | 0001 | MTC-00018853
Crabtree, Chris | 0001 | MTC-00010339
Craft, Jim | 0001 | MTC-00005517
Craft, Judy | 0001 | MTC-00019260
Craft, Ray | 0001 | MTC-00029656
Crafton, Ana | 0001 | MTC-00007955
Cragar, D.G. | 0001 | MTC-00007866
Cragg, Daniel J. | 0001 | MTC-00018901
Cragoe, John H. | 0002 | MTC-00022389
Craig | 0001 | MTC-00026131
Craig | 0001 | MTC-00027189
Craig, David L. | 0002 | MTC-00004500
Craig, Sonny | 0001 | MTC-00006454
Craigen, Barry | 0003 | MTC-00004229
Craighead, Scot D. | 0001 | MTC-00023120
Cramer, Roger | 0002 | MTC-00025329
Cramer, Sam | 0001 | MTC-00019553
Cramer, Tim | 0001 | MTC-00013400
Crandall, David C. | 0001 | MTC-00009203
Crandall, Steve | 0001 | MTC-00014717
Crane, Dave | 0002 | MTC-00020422
Cranford, Samuel K. | 0001 | MTC-00012763
Cranford, Stephen | 0001 | MTC-00000032
Cranston, Charles B. | 0001 | MTC-00022110
Craton, Jeff | 0001 | MTC-00018567
Craven, John | 0001 | MTC-00002701
Crawford, Jack and Joan | 0001 | MTC-00017859
Crawford, Kyle | 0001 | MTC-00001438
Crawford, Kyle | 0001 | MTC-00025620
Crawford, Leslie | 0001 | MTC-00026427
Crawford, Susan | 0001 | MTC-00029291
Crawley | 0001 | MTC-00024437
Craze, Brian | 0001 | MTC-00006513
Crean, John | 0001 | MTC-00025210
Credding | 0001 | MTC-00003128
Creech, Robert | 0002 | MTC-00008617
Creedon, Ted | 0001 | MTC-00002372
Creedy, Rosemary | 0001 | MTC-00009506
Creighton, Bill | 0001 | MTC-00006808
Crestodina, Clifford | 0001 | MTC-00002807
Crete, Oliver | 0001 | MTC-00016462
Crew, Karen L. | 0002 | MTC-00030049
Crews, Ford | 0001 | MTC-00017965
Criag, John | 0001 | MTC-00017119
Crider, Allen | 0001 | MTC-00019019
Cripps, Phillip | 0001 | MTC-00025220
Crisp, Steven | 0001 | MTC-00024311
Crispian | 0001 | MTC-00014733
Crissman, Spencer | 0001 | MTC-00024217
Crist, Michael A. | 0001 | MTC-00028408
Cristina, Andy | 0001 | MTC-00027465
Criswell, Marty | 0001 | MTC-00023751
Crites, Bob | 0001 | MTC-00014048
Crittenden, William J. | 0001 | MTC-00008262
Crocker, Glenn | 0001 | MTC-00016517
Crocker, Terence | 0002 | MTC-00013296
Crockett, London | 0001 | MTC-00012802
Crockett, Mary | 0001 | MTC-00010402
Crohan, Don and Gayle | 0001 | MTC-00028452
Crohen, Gayle | 0001 | MTC-00029800
Cromartie, Roy | 0001 | MTC-00015599
Cromie, James | 0002 | MTC-00018093
Crone, William | 0001 | MTC-00026262
Cronen-Townsend, Stephen | 0001 | MTC-00022021
Crook, Joseph | 0001 | MTC-00016564
Crosby, Tom | 0002 | MTC-00027188
Cross, Don | 0001 | MTC-00006836
Cross, Henry | 0001 | MTC-00004143
Cross, Luci | 0001 | MTC-00010187
Cross, Nelson | 0001 | MTC-00006534
Cross, Robert | 0001 | MTC-00013940
Cross, William | 0001 | MTC-00018027
Crossley, Davejanatmsn@ msn.com | 0001 | MTC-00021983
Crossno, Gary | 0001 | MTC-00017992
Crosswhite, Jason | 0002 | MTC-00018075
Crosswhite, Ralph | 0001 | MTC-00009906
Crotty, David | 0001 | MTC-00015808
Crow, Jak | 0001 | MTC-00000283
Crow, Russell | 0001 | MTC-00004008
Crowder, William | 0001 | MTC-00007378
Crowe, Will | 0002 | MTC-00022451
Crowell, H. | 0001 | MTC-00027870
Crowley, Duane | 0001 | MTC-00003181
Crowley, Joseph | 0002 | MTC-00014849
Crozier, Michael | 0001 | MTC-00028785
Cruise, Juan | 0002 | MTC-00004077
Crull, Robert John | 0002 | MTC-00025042
Crumbling, Lynn | 0001 | MTC-00014981
Crump, Bev and Morris | 0001 | MTC-00027936
Cruz, Joaquin | 0001 | MTC-00020323
csickscj@
rose-hulman.edu | 0001 | MTC-00024776
ctgregl@ juno.com | 0001 | MTC-00010347
Cuanesma, Jobertito | 0002 | MTC-00021106
Cubbage, Jim | 0001 | MTC-00019412
Cuddihy, Scott | 0001 | MTC-00005698
Cuddiny, Scott | 0001 | MTC-00007705
cudell@ aol.com | 0001 | MTC-00024297
Cueroni, Lee | 0001 | MTC-00008911
Cullen, Athony | 0001 | MTC-00027647
Cullen, Larry | 0001 | MTC-00002872
Cullen, Peter | 0001 | MTC-00015753
Cullers, Bret | 0001 | MTC-00015613
Cullum, Alistar | 0001 | MTC-00017451
Culver, Brian | 0001 | MTC-00002734
Culver, David | 0001 | MTC-00024308
Culverhouse, mark | 0001 | MTC-00023412
Cummingham, Cal | 0001 | MTC-00031402
Cummings, Don | 0002 | MTC-00014258
Cummings, Lord J.A. | 0001 | MTC-00027016
Cunningham, Dale M. | 0001 | MTC-00013464
Cunningham, Diane | 0001 | MTC-00013559
Cunningham, Greg | 0002 | MTC-00022917
Cunningham, Joseph P. | 0002 | MTC-00030122
Cunningham, Robert | 0001 | MTC-00005747
Cunningham, Suzanne | 0001 | MTC-00031371
Cunningham, William | 0001 | MTC-00030791
Cuny, David | 0001 | MTC-00017581
Cupples, Jerry | 0002 | MTC-00003412
Curey, Bryan | 0002 | MTC-00030738
Current User | 0001 | MTC-00001045
Current, John | 0001 | MTC-00005063
Currico, Donald Jr. | 0001 | MTC-00025755
Currie, Bob | 0001 | MTC-00024397
Currie, Jr., R. Lee | 0001 | MTC-00033692
Currie, Scott | 0002 | MTC-00027401
Currier, Nathan Woods | 0001 | MTC-00018895
Curry, Keys | 0001 | MTC-00001583
Curry, Rick | 0001 | MTC-00004005
Curtis, Benjamin | 0002 | MTC-00028499
Curtis, Bob | 0001 | MTC-00009331
Curtis, Dennis | 0001 | MTC-00030977
Curtis, Gary | 0001 | MTC-00024843
Curtis, Gray | 0002 | MTC-00027831
Curtis, Jeffrey | 0001 | MTC-00018542
Curtis, Matt | 0001 | MTC-00017364
Curtis, Mike | 0001 | MTC-00001217
Curtis, Rich | 0001 | MTC-00018923
Curtiss, Priest, W. | 0002 | MTC-00028801
Cushman, Clifford | 0001 | MTC-00031137
Cushman, Ted | 0003 | MTC-00019825
Cutcher, Phyllis & Hal | 0001 | MTC-00011715
cutlassla@ aol.com | 0001 | MTC-00001302
Cutler, David | 0001 | MTC-00017553
Cuyar, Joyce | 0001 | MTC-00011457
cww@ westling.com | 0002 | MTC-00000267
Cwynar, Ann | 0001 | MTC-00006045
Cwynar, William R. | 0001 | MTC-00009879
Cyrill, Frank P. Jr. | 0001 | MTC-00008236
Czebotar, James B. | 0002 | MTC-00002739
Czern, George | 0002 | MTC-00019326
Czerw, George | 0002 | MTC-00019279
Czop, Thomas S. | 0001 | MTC-00006451
D'Agotino, Gregory M | 0002 | MTC-00030093
D'Alessandro, John J. | 0001 | MTC-00013536
D'Aloia, John Jr. | 0001 | MTC-00031024
D'Ambrosio, Ken | 0002 | MTC-00009567
D'Andrade, RAde | 0001 | MTC-00025239
D'Andrea, Anthony | 0003 | MTC-00011232
D'Angeli, Frank | 0001 | MTC-00001408
D'Angelo, Dario | 0001 | MTC-00014490
D'Aquin, Darryl | 0002 | MTC-00032038
D'Esterhazy, Helene K. | 0001 | MTC-00027955
D'Souza, David | 0001 | MTC-00025971
dabailey@
neuboyern.net | 0001 | MTC-00016352
Dace, David | 0001 | MTC-00026071
Dachs, Howard | 0001 | MTC-00031377
DaCosta, Linda | 0001 | MTC-00023110
Dadam2 | 0001 | MTC-00007722
Dadds, Sammy | 0002 | MTC-00002644
Dafal, David | 0001 | MTC-00015598
Dagget, Dennis C. | 0002 | MTC-00028358
Dahl, James K. | 0001 | MTC-00005970
Dahl, Dave | 0001 | MTC-00001178
Dahlager, Dale | 0001 | MTC-00007912
Dahlen, Ulf | 0001 | MTC-00014468
Dahlgard, Karen | 0001 | MTC-00028369
Dahlin, Clyde | 0001 | MTC-00006932
Dahlman | 0001 | MTC-00017114
DaHud80 | 0001 | MTC-00025251
Dailey, Paul F. | 0001 | MTC-00000337
Dailey, Tarrell E. | 0001 | MTC-00012817
Dain, Paul | 0001 | MTC-00024858
Dainard, Greg | 0001 | MTC-00000345
Dalal, Nayan | 0001 | MTC-00012776
dalcorn@
localhost.localdomain | 0001 | MTC-00015860
Dale, Aaron | 0001 | MTC-00016477
Dale, Ed | 0001 | MTC-00017199
Dale, Robert C. | 0001 | MTC-00025231
Dale, Sheila | 0001 | MTC-00014293
dalehanks@ juno.com | 0001 | MTC-00010424
Daley, George F. | 0001 | MTC-00006772
Daley, Kat | 0002 | MTC-00012398
Daley, Shawn | 0001 | MTC-00019269
Daley, Troy | 0001 | MTC-00016226
Daley, Troy | 0001 | MTC-00016190
Dallmeyer, Scott | 0001 | MTC-00029344
Daltob@ aol.com | 0001 | MTC-00019258
Dalton, Edan | 0001 | MTC-00017354
Dalton, John G. | 0001 | MTC-00027827
Dalton, Neal | 0001 | MTC-00029126
Dalton, Robert | 0001 | MTC-00020272
Dalton, Tony | 0001 | MTC-00009917
Daly, John | 0001 | MTC-00004900
Daly, Ronald O. | 0001 | MTC-00006419
Daly, Thomas B. | 0001 | MTC-00028743
Damberger, Bernhard | 0001 | MTC-00018494
Damberger, Fred | 0002 | MTC-00024111
Dambrosky, Lee | 0001 | MTC-00010351
Damer, Steve | 0001 | MTC-00016325
Damian | 0001 | MTC-00015025
Damianakes, Dave | 0001 | MTC-00016277
Damiarakes, Dave | 0001 | MTC-00016263
Damm, Ryan | 0002 | MTC-00024444
Damner, Philip | 0001 | MTC-00008168
Damon, Dan | 0001 | MTC-00011444
Damour, James A. | 0002 | MTC-00003968
Dampier, Stephen | 0002 | MTC-00001534
Damron, Peter | 0001 | MTC-00024689
Dan | 0001 | MTC-00013139
dan@ sof.ch | 0002 | MTC-00000848
Danaher, Frank | 0001 | MTC-00008686
Danby, Ian | 0001 | MTC-00003789
Danckavert, Paul | 0001 | MTC-00015735
Danford, Robert | 0001 | MTC-00017349
danhayes42@
hotmail.com | 0001 | MTC-00014339
Daniel Aaron | 0002 | MTC-00000866
Daniel, Jerry | 0001 | MTC-00001185
Daniel, Matthew L. | 0001 | MTC-00017006
Daniel, Sam | 0002 | MTC-00003075
Daniell, Graham | 0001 | MTC-00005355
Daniels, Burkhard | 0001 | MTC-00009578
Daniels, Dale | 0001 | MTC-00007519
Daniels, Dennis | 0001 | MTC-00014859
Daniels, Tom | 0001 | MTC-00016077
Danielson, Miguel C. | 0002 | MTC-00011256
Danies, Tim (038) Sharon | 0001 | MTC-00009882
Danis, Gary | 0001 | MTC-00031230
Danner, Curtis | 0001 | MTC-00020870
Danny | 0001 | MTC-00000925
Danny | 0001 | MTC-00015969
Danohoe, Mark | 0002 | MTC-00029172
Dansby, Wade F. | 0001 | MTC-00000395
dansereaurj@ msn.com | 0001 | MTC-00017307
Dante6249@ aol.com | 0001 | MTC-00007439
Danzinger, David | 0001 | MTC-00025587
darcee@ juno.com | 0001 | MTC-00010434
Dardis, Greg | 0001 | MTC-00023256
Darfus, George H. | 0001 | MTC-00027471
Darger, Jerry | 0002 | MTC-00032152
Dargin, Jim | 0001 | MTC-00027129
Darilek, Brant | 0001 | MTC-00002336
darklord@
wt6.usdoj.gov | 0002 | MTC-00005026
Darling, Dan | 0001 | MTC-00009132
Darling, John T. | 0001 | MTC-00008130
Darnel, Jonathan | 0001 | MTC-00021295
Darnell, Ralph | 0001 | MTC-00027803
Darr, John | 0001 | MTC-00005893
Darrah, Pamela | 0001 | MTC-00021141
Darrow, Darby Lee | 0001 | MTC-00001565
Darrow, Logan | 0001 | MTC-00006760
Dasano, Stephen F. | 0001 | MTC-00031488
Dasaro, Janet | 0001 | MTC-00012551
Dasaro, Janet | 0001 | MTC-00031503
Dasaro, Stephen | 0001 | MTC-00031502
Dasaro, Stephen F. | 0001 | MTC-00009050
DaSilva, Herb | 0002 | MTC-00016702
DaSilva, Jose | 0002 | MTC-00004559
daslowpoke@
hotmail.com | 0001 | MTC-00017250
Dassow, Rice | 0001 | MTC-00009312
Daswani, Sushrel | 0001 | MTC-00015858
Dau, Jamie | 0001 | MTC-00024020
Dau, Thomas | 0001 | MTC-00026834
Daub, John | 0001 | MTC-00016460
Daubenspeck, Darren | 0001 | MTC-00018700
Daudelin, M.E. | 0002 | MTC-00027421
Daudelin, Mary E. | 0002 | MTC-00026176
Dauer, A. Allan | 0001 | MTC-00026852
Daugherty, Hubert | 0001 | MTC-00005002
Daugherty, Paul C. | 0001 | MTC-00003242
Daugherty, Ray W. | 0003 | MTC-00025734
Daugherty, Vergil | 0001 | MTC-00031829
Daul, Bill | 0001 | MTC-00023266
Dauphine, Richard | 0001 | MTC-00005140
Dave | 0001 | MTC-00015754
dave | 0001 | MTC-00013349
Dave | 0001 | MTC-00020060
Davenport, Larry | 0001 | MTC-00005106
DaveRaab@ aol.com | 0001 | MTC-00006356
David | 0001 | MTC-00000919
David | 0001 | MTC-00031680
David, Brian | 0001 | MTC-00030002
David, David | 0001 | MTC-00023525
David, John | 0001 | MTC-00023989
david29101 | 0001 | MTC-00021374
Davidson, Beverly | 0001 | MTC-00008572
Davidson, Bill | 0001 | MTC-00006490
Davidson, Carolyn | 0002 | MTC-00027677
Davidson, Darryl | 0002 | MTC-00017611
Davidson, Matthew | 0001 | MTC-00016716
Davidson, Tom | 0001 | MTC-00012590
Davidson< Gareth | 0001 | MTC-00020515
Daviduk, Matthew | 0001 | MTC-00007900
Davies, Benjamin | 0001 | MTC-00003724
Davies, Bill | 0001 | MTC-00024888
Davies, Elizabeth B. | 0001 | MTC-00008405
Davies, John R. | 0001 | MTC-00019136
Davies, Tony | 0001 | MTC-00033837
Davila, Fidel | 0002 | MTC-00004473
Davilla, Scott D. | 0001 | MTC-00015592
Davis Jr., Leland | 0001 | MTC-00007146
Davis, Al | 0005 | MTC-00025794
Davis, Allen | 0001 | MTC-00002695
Davis, Allen | 0001 | MTC-00003565
Davis, Andrew | 0001 | MTC-00009797
Davis, Angela | 0002 | MTC-00030116
Davis, Brad | 0001 | MTC-00005209
Davis, Bryan | 0001 | MTC-00017160
Davis, Charles | 0001 | MTC-00026088
Davis, Charles R. | 0001 | MTC-00022767
Davis, Charlotte | 0001 | MTC-00025737
Davis, Chris | 0001 | MTC-00015638
Davis, Chris | 0001 | MTC-00000646
Davis, Cindy | 0001 | MTC-00030229
Davis, Colin | 0001 | MTC-00017670
Davis, Dan | 0001 | MTC-00024099
Davis, David | 0002 | MTC-00011611
Davis, Diane P. | 0001 | MTC-00030417
Davis, Don | 0001 | MTC-00015980
Davis, Don | 0001 | MTC-00016107
Davis, Don | 0001 | MTC-00016115
Davis, Don | 0001 | MTC-00006225
Davis, F. Michael | 0001 | MTC-00031352
Davis, Harvey | 0001 | MTC-00026471
Davis, J. | 0006 | MTC-00001016
Davis, James R. and Eileen | 0001 | MTC-00007314
Davis, Jared | 0001 | MTC-00010589
Davis, Jay | 0001 | MTC-00008644
Davis, Jeff | 0002 | MTC-00003429
Davis, Jeffrey | 0001 | MTC-00019083
Davis, Jeffrey | 0004 | MTC-00019104
Davis, Jerry | 0002 | MTC-00003466
Davis, Jerry | 0001 | MTC-00004860
Davis, Joel | 0001 | MTC-00008833
Davis, John | 0001 | MTC-00030103
Davis, John | 0001 | MTC-00007547
Davis, Joshua | 0001 | MTC-00027614
Davis, Mark | 0001 | MTC-00027847
Davis, Norman | 0002 | MTC-00033512
Davis, Radford | 0001 | MTC-00017036
Davis, Richard | 0001 | MTC-00031111
Davis, Richard A. | 0002 | MTC-00022510
Davis, Rick | 0001 | MTC-00027774
Davis, Rob | 0001 | MTC-00032322
Davis, Ron | 0001 | MTC-00017569
Davis, Ronald | 0002 | MTC-00010840
Davis, Ronald G. | 0001 | MTC-00025263
Davis, Shawn | 0001 | MTC-00024190
Davis, Stephanie | 0001 | MTC-00011593
Davis, Suzanne | 0001 | MTC-00007988
Davis, Tony | 0001 | MTC-00009480
Davis, Troy | 0002 | MTC-00003957
Davis, Walter | 0003 | MTC-00001289
Davis, William | 0001 | MTC-00008512
Davis, WIlliam J. | 0002 | MTC-00001245
davisbm@ purdue.edu | 0001 | MTC-00003602
Davison, Scott | 0001 | MTC-00013171
Davison, Ty | 0001 | MTC-00001221
Dawson, Don | 0001 | MTC-00017347
Dawson, John | 0002 | MTC-00000597
Dawson, Matt | 0001 | MTC-00031595
Dawson, Michael S.A. | 0001 | MTC-00003671
Dawson, Rick | 0001 | MTC-00015051
Dawson, Sanuel | 0001 | MTC-00031788
Day, Bob | 0001 | MTC-00006834
Day, Brian | 0001 | MTC-00006631
Day, Bruce P. | 0001 | MTC-00005861
Day, Christopher | 0002 | MTC-00013795
Day, James | 0001 | MTC-00031501
Day, James | 0003 | MTC-00014791
Day, Jason | 0001 | MTC-00024195
Day, Lawrence | 0001 | MTC-00026067
Day, Mahria | 0001 | MTC-00009055
Day, Rick | 0001 | MTC-00006844
Day, Robert | 0002 | MTC-00005021
DBC1998@ aol.com | 0001 | MTC-00008126
Dbeis, Mortesir | 0002 | MTC-00028278
dbirmingham | 0001 | MTC-00021396
dbor77@ hotmail.com | 0001 | MTC-00012747
Dbrandt881@ aol.com | 0001 | MTC-00006041
DBrandz881@ aol.com | 0001 | MTC-00006790
dbuckley@
clevelandgear.com | 0001 | MTC-00025208
dbwhite@ quixnet.net | 0001 | MTC-00024282
dcidave@ powerweb.net | 0001 | MTC-00014314
De Alvare, Louis R. | 0001 | MTC-00027956
De Angelis, Renata | 0001 | MTC-00006684
De Blois, Anne | 0002 | MTC-00024964
De Galzain, Jean | 0001 | MTC-00002692
de Gaul, Archon | 0001 | MTC-00020070
de Graaf, Bruce | 0001 | MTC-00019588
De Graaf, Randy | 0001 | MTC-00007388
De Haan, Christopher | 0001 | MTC-00004892
De Jonge, Rund | 0001 | MTC-00005799
De La Cruz, Aharon | 0001 | MTC-00014459
de Leon, Herbert | 0001 | MTC-00022705
De Piano, Frank | 0001 | MTC-00031731
de Sharengrad, Ragnar | 0001 | MTC-00007764
De Smet, Alan | 0002 | MTC-00020119
De Stefano, Paul | 0002 | MTC-00020225
De Wolf, Peter | 0001 | MTC-00004169
Deahl, Richard | 0001 | MTC-00029230
Deakin, Brandt | 0001 | MTC-00016112
Deal, Connie | 0001 | MTC-00028040
Deal, Eric | 0002 | MTC-00003935
Dean, Jeff | 0001 | MTC-00024898
Dean, Mike | 0001 | MTC-00018438
Deane, Ian | 0002 | MTC-00001336
Deans, Jason | 0001 | MTC-00030052
deathtar@ aol.com | 0001 | MTC-00025741
Debbie | 0001 | MTC-00006666
Debbin, Thomas D. | 0001 | MTC-00008215
DeBeradino, Anthony | 0001 | MTC-00010967
DeBerry, Stphen | 0001 | MTC-00023507
DeBois, Dean | 0001 | MTC-00009717
DeBolt, Virginia | 0001 | MTC-00003817
DeBona, Dave | 0002 | MTC-00005584
Debonis, Jon | 0001 | MTC-00012718
DeBrota, David | 0001 | MTC-00007853
DeChaine, Tom | 0001 | MTC-00029552
DeChiara, Chris | 0001 | MTC-00022281
DeCicco, Anthony | 0002 | MTC-00027857
Deck, Jack | 0002 | MTC-00031482
Deckard, Christopher N. | 0001 | MTC-00027451
Decker, Donald | 0002 | MTC-00028461
Decker, Max | 0001 | MTC-00031920
Deckert, Mark | 0001 | MTC-00018029
DeClerck, Dan | 0002 | MTC-00024422
Decoulos, James J. | 0002 | MTC-00024005
Dede, Vrenon | 0002 | MTC-00027320
DeDeVoire, Jeff | 0001 | MTC-00016440
deDinechin, Christophe | 0001 | MTC-00016837
DeDominic | 0001 | MTC-00010186
Dedrick, D. A. | 0001 | MTC-00018440
Deehr, Jim | 0001 | MTC-00002800
Deen, David | 0001 | MTC-00016595
Dees, Chris | 0002 | MTC-00003780
Deeter, Derek | 0002 | MTC-00018655
Defelice, Bill | 0002 | MTC-00004767
DeFer, Jesse | 0001 | MTC-00016321
DeFord, David | 0002 | MTC-00030642
Deford, David | 0002 | MTC-00030224
deForest, Dan | 0001 | MTC-00021000
DeGarmo, Glen | 0001 | MTC-00009903
Degenhardt, Brian | 0001 | MTC-00017400
Degler, Stephen | 0001 | MTC-00026960
DeGraaf, David A. | 0001 | MTC-00003886
DeGraaf, Stuart R. | 0003 | MTC-00004537
DeGrands, Joel | 0001 | MTC-00014722
Degrift, Craig | 0001 | MTC-00016348
DeGrow, Dan L. | 0001 | MTC-00029565
deGruchy, Luke | 0002 | MTC-00021683
DeHaven, Beth | 0001 | MTC-00025549
Dehazo, Maureen | 0001 | MTC-00030204
Dehmer, Ed | 0001 | MTC-00026305
Dehmer, William | 0001 | MTC-00029205
DeJong, MIchael | 0001 | MTC-00001757
DeJong, Michael | 0002 | MTC-00014429
Dekany, Richard | 0001 | MTC-00007057
Dekema, Russell Edward | 0001 | MTC-00017357
Dekkers, Ing | 0002 | MTC-00020930
Del Castillo, Carlos | 0002 | MTC-00020698
Del Degan, Sarah | 0002 | MTC-00005787
Del Huerto, Robert | 0001 | MTC-00015493
Del Vecchio, Matt | 0001 | MTC-00011346
Delahaut, Donald L. | 0002 | MTC-00029640
Delahaut, Dorald | 0003 | MTC-00028924
Delaney, Christopher | 0001 | MTC-00015770
Delaney, Larry | 0001 | MTC-00009139
DeLassus, Joe | 0001 | MTC-00019857
Delgado, Albert | 0001 | MTC-00003742
Deller, Bill | 0002 | MTC-00019755
Dellicker, Harry | 0002 | MTC-00015487
Delmolino, C. M. | 0001 | MTC-00006402
Delmolino, M. F. | 0001 | MTC-00006677
Delmonte, Tom | 0002 | MTC-00009894
Delmonte, Tom | 0002 | MTC-00032526
Delong, Jim | 0006 | MTC-00024426
Delong, Owen | 0002 | MTC-00023065
Delory, David | 0001 | MTC-00030506
DeLuca, M. A. | 0002 | MTC-00016127
Deluca, Salvatore | 0002 | MTC-00030239
Deluca, Veronica | 0002 | MTC-00030250
Deluce, Ron | 0001 | MTC-00020228
DeMaria, Paul | 0001 | MTC-00031440
DeMario, Louis B. | 0001 | MTC-00030814
Dembski, Mike | 0001 | MTC-00020884
Demeritt, Gabi | 0001 | MTC-00031405
Demopoulos, Dimitri C. | 0001 | MTC-00008786
Dempsey, Bill | 0001 | MTC-00000111
Denardo, Joseph N. | 0001 | MTC-00007496
Deneen, Bob | 0001 | MTC-00006558
Denhardt, Bob | 0002 | MTC-00017695
Denholm, John | 0006 | MTC-00020663
Denholtz, Mike | 0001 | MTC-00005909
DeNinno, John A. | 0001 | MTC-00003947
Denino, George | 0002 | MTC-00001262
Denker, Amber | 0001 | MTC-00001691
Denman, Tom | 0002 | MTC-00024610
Dennett, Pete | 0001 | MTC-00015786
Denney, Bill | 0001 | MTC-00019266
Denning, Deloy | 0001 | MTC-00009508
Denning, Michael | 0001 | MTC-00026547
Denninston, Peter | 0002 | MTC-00022620
Dennis | 0002 | MTC-00009426
Dennis, Bill | 0001 | MTC-00026991
Dennis, Donald E. | 0002 | MTC-00031113
Dennis, Eric | 0001 | MTC-00009590
Dennis, Jason | 0001 | MTC-00011602
Dennison, Jeff | 0001 | MTC-00007473
Denniston, Susan | 0002 | MTC-00026277
Denniy, Chris | 0001 | MTC-00023583
Denny, Cleve B. | 0001 | MTC-00007581
Deno, Richard | 0001 | MTC-00028341
Denoy, David | 0001 | MTC-00007122
Densham, Pen | 0002 | MTC-00009092
Densmore, Brian | 0001 | MTC-00004436
Densmore, Brian | 0005 | MTC-00011093
Denson, Daniel | 0001 | MTC-00016997
Denterlein, Geri | 0002 | MTC-00029916
Denton, Richard | 0001 | MTC-00026077
Denton, Sam | 0001 | MTC-00015834
Denton, Tricia; Denton, Steve; Koch, Ron; Koch, Luis | 0004 | MTC-00031966
Denver, D. | 0001 | MTC-00025966
DePardo, Brian | 0001 | MTC-00019374
DePaul, Anthony | 0001 | MTC-00030487
Deptula, Elaine | 0001 | MTC-00005633
Derby, Dan | 0001 | MTC-00026162
Derby, Dan | 0001 | MTC-00026159
Deri, Justin | 0002 | MTC-00018303
Derks, Jesse J. | 0001 | MTC-00002843
Dernoncourt, Wayne | 0001 | MTC-00021665
DeRosa, Brian | 0001 | MTC-00017832
DeRosa, Mike | 0001 | MTC-00012769
DeRose, Libbie and Bob | 0001 | MTC-00013333
Deroshia, Nicholas | 0001 | MTC-00002477
Derr, Ben | 0001 | MTC-00015087
Desai, Chetan | 0002 | MTC-00008493
Desaulniers, Gilles | 0002 | MTC-00009356
Deschenes, Raymond | 0001 | MTC-00009149
Desjardins, Mike | 0001 | MTC-00014912
Deslippe, Michael Paul | 0003 | MTC-00004058
Desmond Jr., Sammy E. | 0001 | MTC-00031957
Desmond, Sam | 0002 | MTC-00022070
Desnoyers, Peter | 0002 | MTC-00022417
DeSpain, David R. | 0001 | MTC-00012819
DeSpain, Edward | 0002 | MTC-00023272
Dessertfox@ juno.com | 0001 | MTC-00024806
DeStafeno, Ross M. | 0002 | MTC-00004749
Destafeno, Ross M. | 0001 | MTC-00020136
Detert, Jonathan C. | 0001 | MTC-00017202
Detert, Miriam A. | 0001 | MTC-00005207
Detlefsen, Mike | 0001 | MTC-00025125
DeTrag, Paul | 0001 | MTC-00007459
Detskey, Peter Z. | 0001 | MTC-00008700
Dettne, John W. | 0003 | MTC-00028533
Deucher | 0001 | MTC-00016807
Deutsch, George J. | 0001 | MTC-00010266
DeVault, Steven | 0001 | MTC-00016022
Deveaux, Chris | 0002 | MTC-00003030
Deveney, Louise | 0002 | MTC-00020407
Devine, Dan | 0002 | MTC-00017369
DeVinney, Jason | 0001 | MTC-00024412
DeVito, Louis | 0001 | MTC-00011773
Devlin, Eric | 0001 | MTC-00011155
Devnull, Slash | 0001 | MTC-00027394
Devolites, Jeannemarie | 0001 | MTC-00030216
DeVous, Phillip W. | 0003 | MTC-00031739
DeVries, Ernie | 0002 | MTC-00024455
Devries, Peter | 0001 | MTC-00026921
Dew, Beverley M. | 0001 | MTC-00031640
Dew, Robert | 0001 | MTC-00008936
Dewar, Warren | 0001 | MTC-00006161
Deweese, Peter | 0001 | MTC-00015450
Dewey, Mike | 0002 | MTC-00004519
Dewitz, Thomas | 0001 | MTC-00003413
DeWolf, Andre | 0002 | MTC-00001870
DeWolf, John | 0001 | MTC-00010867
DeWolf, John t. | 0001 | MTC-00007363
Dexter, Pardon N. | 0001 | MTC-00030351
Dezubay, Egon | 0001 | MTC-00031012
dfrank@ satx.rr.com | 0001 | MTC-00012741
dgriffith@ gdhro.com | 0001 | MTC-00011624
Dharm, Matthew | 0001 | MTC-00018177
dhber@ cadeuce.com | 0002 | MTC-00000482
dhughes@
admin1.umaryland.edu | 0001 | MTC-00010336
Di Cianno, Armando | 0001 | MTC-00017963
Diakov, Lobo | 0002 | MTC-00023937
Dial, Cheri | 0001 | MTC-00007201
Dial, Linda | 0001 | MTC-00032045
Dials, Jon | 0001 | MTC-00007956
Diament, Judah | 0001 | MTC-00003820
Diamond, Howard | 0001 | MTC-00027738
Diamond, Jay M. | 0001 | MTC-00032008
Diamond, Linda | 0001 | MTC-00029859
Diamond, Steven | 0002 | MTC-00029860
Diaz, Carlos | 0001 | MTC-00007914
Diaz, Jose | 0001 | MTC-00030194
Diaz, Stephen A. | 0001 | MTC-00008865
DiBello, Michael | 0001 | MTC-00029690
DiBiase, Paul | 0001 | MTC-00022048
Dibowitz, Phil | 0001 | MTC-00023251
Dick, Christopher | 0001 | MTC-00003340
Dick, H | 0001 | MTC-00011692
Dick, Johnathan | 0001 | MTC-00017877
Dickenson, Gerald P. Jr. | 0002 | MTC-00031471
Dickerson, Roger | 0002 | MTC-00018256
Dickerson, Tom | 0002 | MTC-00013760
Dickinson, Stan | 0001 | MTC-00009932
Dickmeyer, Linda | 0001 | MTC-00032072
Dickson, Brian | 0001 | MTC-00028972
Dickson, Brian | 0002 | MTC-00028950
DIckson, Kevin | 0002 | MTC-00019892
Didelot, Christian | 0001 | MTC-00013701
Diebler, Michael | 0001 | MTC-00022764
Diederich, Dana | 0001 | MTC-00019844
Diedrichs, John R. | 0001 | MTC-00020409
Diehl, Erin | 0002 | MTC-00010993
Diehl, Thomas | 0001 | MTC-00004741
Dier, Duane | 0001 | MTC-00011760
Dier, Scott M. | 0002 | MTC-00026480
Dieterle, Brian | 0001 | MTC-00016650
Dietrich, David | 0001 | MTC-00031038
Dietzel, Dennis | 0006 | MTC-00001738
Difatta, Peter | 0002 | MTC-00004350
DiGiovanni, Dave | 0003 | MTC-00023676
DiGiovanni, Lucio | 0001 | MTC-00008554
digl@ gwl.com | 0002 | MTC-00021841
Dike, Reece | 0001 | MTC-00016293
Dikman, Robert | 0001 | MTC-00006074
dila813@ hotmail.com | 0001 | MTC-00011115
Dilawari, Gian | 0002 | MTC-00031744
Diley, John | 0001 | MTC-00024168
Dilkov, Neven | 0001 | MTC-00002735
Dill, Brent | 0001 | MTC-00017822
Dillard, Susan | 0002 | MTC-00029283
Dillman, James Mitchell | 0001 | MTC-00012772
Dillon, Dale | 0001 | MTC-00008714
Dillon, James | 0001 | MTC-00022014
Dillon, Larry | 0001 | MTC-00016455
Dillow, Barrett | 0001 | MTC-00015777
DiLuzio, Raphael | 0002 | MTC-00001880
DiMarco, Peter | 0001 | MTC-00029526
Dimbrogno@
eshores.com | 0001 | MTC-00017271
Dimick, Denis | 0001 | MTC-00015772
Dingman, Melody | 0004 | MTC-00019241
Dingoian, George | 0002 | MTC-00005231
Dingoian, George G. | 0001 | MTC-00010307
Dingus, Doug | 0003 | MTC-00020346
Dingwall, Harry A. and Donna E | 0001 | MTC-00006640
Dinsfried, Jack | 0001 | MTC-00009053
Dinyes, Will | 0001 | MTC-00019053
Diodati, Reg | 0002 | MTC-00025363
Dion, Bonnie | 0001 | MTC-00005669
Dion, Tim | 0001 | MTC-00002833
DiPietro, John J. | 0001 | MTC-00030498
DippyDawg6@ aol.com | 0001 | MTC-00000855
Dire, Dave | 0001 | MTC-00025778
Discher, Robert | 0001 | MTC-00003065
Disher, Jeff | 0002 | MTC-00024737
Disparte, Frank L. | 0001 | MTC-00027257
Diss, Mat | 0001 | MTC-00020464
Dittenhafer, Dan | 0001 | MTC-00025246
Dittmer, Damian | 0001 | MTC-00002777
Dively, Cheryl | 0001 | MTC-00010212
Dively, Emory D. | 0001 | MTC-00013493
Divringi, Murat | 0001 | MTC-00011923
Dixon, Dale | 0001 | MTC-00015829
Dixon, James | 0002 | MTC-00004783
Dixon, Jim | 0001 | MTC-00011825
Dixon, Marcus | 0001 | MTC-00031735
DiZoglio, Marc | 0001 | MTC-00031022
dizzynoise@ mac.com | 0003 | MTC-00013688
dkelliher@
carterprinting.com | 0001 | MTC-00017245
dkmck@ hotmail.com | 0001 | MTC-00017241
dlb@ mail.vark.edu | 0001 | MTC-00017275
DmarkBill@ aol.com | 0001 | MTC-00007000
DMASON | 0001 | MTC-00013408
dmholmes@ webtv.net | 0001 | MTC-00024254
Dobrinen, Anne Argue | 0001 | MTC-00011216
Dobriner, Jacob | 0002 | MTC-00011193
Dobson, Andrew | 0001 | MTC-00005887
Dobson, Glenn | 0002 | MTC-00033668
Dockins, Rickey | 0001 | MTC-00025924
Dockter, Steve | 0001 | MTC-00016091
doczell@ prodigy.net | 0001 | MTC-00006563
Dode-McCue, Diane | 0001 | MTC-00030887
Dodel, Mark | 0002 | MTC-00004889
Dodel, Mark | 0002 | MTC-00008272
Dodge, Peter | 0001 | MTC-00013101
Dodge, Suzanne | 0001 | MTC-00031195
Dodge, Suzanne | 0001 | MTC-00032620
Dodge, Warren | 0001 | MTC-00021129
Dodier, Robert | 0001 | MTC-00019438
Doe, Jon | 0001 | MTC-00025274
Doering, Gary | 0001 | MTC-00013535
Doerksen, Trevor | 0002 | MTC-00001051
Doerkson, Richard | 0001 | MTC-00017654
Doerr, Jerry | 0001 | MTC-00024277
Doherty, John | 0001 | MTC-00019280
Doherty, Leonard | 0001 | MTC-00030958
Doherty, Mike | 0001 | MTC-00026407
Doherty, Ryan | 0001 | MTC-00000632
Doherty, Stan | 0001 | MTC-00013645
Doherty, Wanda | 0001 | MTC-00031054
Dohler, Derek | 0001 | MTC-00023769
Dohrmann, Blane | 0001 | MTC-00031521
Dolan, Jeremy M. | 0001 | MTC-00004083
doldomcel@ aol.com | 0001 | MTC-00017303
Dole, Fred | 0001 | MTC-00031445
Dolinar, David | 0001 | MTC-00017008
Doll, Richard | 0001 | MTC-00014819
Doll, Richard | 0001 | MTC-00014629
dollins, Robert | 0001 | MTC-00010528
Dollins, Robert | 0001 | MTC-00001978
Dollner, Barbara | 0001 | MTC-00014896
Dolyak, Nick | 0001 | MTC-00006325
Dome, Don | 0002 | MTC-00033419
Domengues, Tony | 0001 | MTC-00008541
Dominick, John | 0001 | MTC-00006622
Domit, Tony | 0001 | MTC-00008739
Don, Ronald | 0001 | MTC-00025204
Donahue, Christopher | 0001 | MTC-00030371
Donahue, Christopher J. | 0001 | MTC-00024973
Donakerley@ aol.com | 0001 | MTC-00007320
Donaldson, David C. | 0001 | MTC-00022256
Donaldson, Jerome J | 0001 | MTC-00025591
Donaldson, John | 0001 | MTC-00025869
Donalik, Thomas | 0001 | MTC-00022563
donb@ gasullivan.com | 0002 | MTC-00028476
Donepudi, Krishna | 0001 | MTC-00015717
Dong, Ron | 0001 | MTC-00026188
Donham, Jake | 0001 | MTC-00016989
Donivan, Flora | 0001 | MTC-00007029
Donivan, Flora | 0001 | MTC-00011654
Donnelly, Dennis O. | 0001 | MTC-00003896
Donner, Jeff | 0001 | MTC-00003441
Donohue, Jean | 0002 | MTC-00031749
Donohue, Kevin | 0002 | MTC-00031332
Donosky, Jeff | 0001 | MTC-00000591
Donovan, Jay | 0001 | MTC-00032073
Donovan, Timothy | 0001 | MTC-00031389
donovan2@
ix.netcom.com | 0002 | MTC-00004259
Dontje, Brian L. | 0001 | MTC-00005736
Doocy, Morgan | 0001 | MTC-00018221
Dooks, Charles | 0002 | MTC-00011031
Dool, Linda J. | 0001 | MTC-00031774
Dooley, Pat | 0001 | MTC-00027301
Dooling, Dave | 0001 | MTC-00027802
Doolittle, Lawrenie | 0002 | MTC-00026592
Doonawala, Khozen | 0001 | MTC-00007725
Doran, Jeff | 0001 | MTC-00018796
Doran-Marshall, Dave | 0002 | MTC-00023443
Doremus, Jen and Warren | 0003 | MTC-00026453
Doremus, Warren and Jean | 0001 | MTC-00006533
Dorgan, Tracy | 0001 | MTC-00025488
Dorian, Charles | 0002 | MTC-00028932
doriswinflu | 0001 | MTC-00025189
Dorman, Brandon | 0001 | MTC-00018827
Dormeyer, Paul | 0001 | MTC-00003059
Dornan, James | 0001 | MTC-00017772
Dorsa, Al | 0001 | MTC-00026298
Dorsett, Charles | 0001 | MTC-00017256
Dorsey, John W. | 0001 | MTC-00009064
Dorst, Fred | 0001 | MTC-00029868
Dorsten, Charles | 0001 | MTC-00011190
Dos, Chris | 0001 | MTC-00015430
Doser, Jerry | 0002 | MTC-00030484
Dossey, Jim | 0001 | MTC-00003403
Doty, Raymonod | 0001 | MTC-00001382
Double “S” | 0001 | MTC-00009869
Doubtfire, Graham | 0001 | MTC-00009650
Doucette, Dave | 0001 | MTC-00003523
Doug | 0001 | MTC-00018819
Dougan, John | 0001 | MTC-00019069
dougcooks4u.icu28@
juno.com | 0001 | MTC-00010912
Dougherty, Dan | 0001 | MTC-00025360
Dougherty, Nell | 0001 | MTC-00024222
Dougherty, paul | 0001 | MTC-00009959
Dougherty, Tom | 0001 | MTC-00008335
Doughty, Johnathan | 0003 | MTC-00027999
Douglas, Greg | 0001 | MTC-00020854
Douglass, William | 0001 | MTC-00004800
Douma, Darin James | 0001 | MTC-00018448
Dourado, Eli | 0001 | MTC-00016116
Dourian, Robert | 0001 | MTC-00008361
dovn@ juno.com | 0001 | MTC-00011123
Dowd, Matthew | 0001 | MTC-00022693
Dowdle, Jerome | 0001 | MTC-00013762
Dowdy, Irene | 0001 | MTC-00005995
Dowell, Robin | 0001 | MTC-00016499
Dowguy99@ aol.com | 0001 | MTC-00006573
Downes, Scott | 0001 | MTC-00018243
Downey, Ross | 0001 | MTC-00019064
Downie, Robin | 0002 | MTC-00024691
Downs, Warren | 0004 | MTC-00004510
Downyonder@ juno.com | 0001 | MTC-00000468
Doyle, Jeffrey | 0001 | MTC-00010246
Doyle, Larry | 0001 | MTC-00008499
Doyle, Mike | 0001 | MTC-00004315
Doyle, Mike | 0001 | MTC-00006373
Doyle, Pat | 0001 | MTC-00030523
Doyle, Sharon | 0001 | MTC-00008157
Dparrl@ aol.com | 0001 | MTC-00008857
dphillwan@ aol.com | 0001 | MTC-00012730
Dpww@ aol.com | 0001 | MTC-00027076
Drabik, Matthew | 0001 | MTC-00012846
Dracomic, Alan H. | 0001 | MTC-00004514
Dragert, Tobi | 0001 | MTC-00014081
Drainville, Ray | 0002 | MTC-00003463
Drainville, Ray | 0001 | MTC-00013332
Drake, Bill | 0001 | MTC-00007806
Drake, Daniel | 0001 | MTC-00015884
Drake, Fred | 0001 | MTC-00021833
Drake, Joshua | 0001 | MTC-00022468
Drake, Mark | 0001 | MTC-00018876
Drake, Sandra | 0001 | MTC-00030526
Dranger, Stephen Thomas | 0005 | MTC-00020029
Draper, Josh | 0001 | MTC-00015192
Dreger, Jim | 0001 | MTC-00000498
Dreger, Paule | 0001 | MTC-00029639
Dreier, Daniel | 0002 | MTC-00026638
Dreifus, Daniel M. | 0001 | MTC-00001161
Dreifus, Donald | 0001 | MTC-00021388
Drennan, Justin | 0001 | MTC-00020553
Drescher, Sten Michael | 0003 | MTC-00018120
Drew | 0001 | MTC-00009573
Drew, Ammann | 0001 | MTC-00015767
Drew, Ellie | 0002 | MTC-00026461
Drews, Johathan | 0001 | MTC-00019331
Dreyer, Robert | 0001 | MTC-00007896
Drinkwine, Paul | 0001 | MTC-00011025
Driscoll, Kevin | 0001 | MTC-00013145
Driscoll, Richard | 0001 | MTC-00012799
Driscoll, Sean | 0001 | MTC-00023149
Driskill, Buford L. Jr. | 0001 | MTC-00030364
Drizd, Doug | 0001 | MTC-00000607
Drlik, Scott | 0001 | MTC-00008606
DRNNAT@ aol.com | 0001 | MTC-00007004
Drone, Michael | 0001 | MTC-00026178
Dronen, Nicholas | 0001 | MTC-00011335
Droney, Mike | 0001 | MTC-00027396
Droske, Rich | 0001 | MTC-00013500
drostander@ att.net | 0001 | MTC-00003032
Drumm, Neil | 0001 | MTC-00018917
Drummond, Peter | 0002 | MTC-00009863
Drury, Jeanne | 0001 | MTC-00025163
Druxman, Lee | 0001 | MTC-00016445
drwho38@
bellsouth.net | 0001 | MTC-00016034
Dryer, Daniel | 0001 | MTC-00031752
Drzaic, Paul | 0002 | MTC-00023929
Drzaic, Paul | 0002 | MTC-00033402
DS | 0001 | MTC-00027411
Dsailero@ aol.com | 0001 | MTC-00003579
dsteve55539@ aol.com | 0001 | MTC-00010879
Dsyates | 0001 | MTC-00019918
DTPatterson@ aol.com | 0001 | MTC-00028169
DTSORR@ aol.com | 0001 | MTC-00009166
Duane, Jeremy | 0001 | MTC-00004787
duanebat@ aol.com | 0001 | MTC-00010470
Duberg, James | 0001 | MTC-00004351
Dubov, Mike | 0001 | MTC-00031671
Dubrowski, Markus | 0001 | MTC-00013470
DuBuc, Allin | 0001 | MTC-00006090
Dubuque, Peter | 0001 | MTC-00027728
Ducamp, Bernard P. | 0001 | MTC-00001311
Duckett, Tony | 0001 | MTC-00015310
Dudzinski, Leonard | 0002 | MTC-00001211
Dudzinski, Leonard | 0002 | MTC-00001849
Dueber, Bill | 0001 | MTC-00018190
Duemling, Keith | 0002 | MTC-00029255
Duerksen, Gary | 0002 | MTC-00026426
Duetting, Mike | 0001 | MTC-00010626
Dufek, Ernie | 0001 | MTC-00029762
Duffin, Kirk | 0001 | MTC-00016572
Duffin, Marlene Quayle | 0001 | MTC-00006349
Duffy, Beranard J. | 0001 | MTC-00015703
Duffy, Charles | 0001 | MTC-00004705
Duffy, James | 0002 | MTC-00033627
Duffy, Joseph | 0001 | MTC-00020046
Duffy, Nathan | 0001 | MTC-00023442
Dufour, Patrick | 0001 | MTC-00018028
Dufresne, Garry | 0001 | MTC-00002680
DugEaglEye@ aol.com | 0001 | MTC-00006503
Duggan James P. | 0001 | MTC-00029786
Duggan, Donna | 0001 | MTC-00026199
Duggan, Joel | 0001 | MTC-00003144
Duhr, Edward | 0001 | MTC-00025579
Duijker, HGM | 0001 | MTC-00017201
dukejace@
bellsouth.net | 0001 | MTC-00017336
DulaCarol@ aol.com | 0001 | MTC-00006924
Dullys, Harry | 0001 | MTC-00028944
DuLong, Perry | 0001 | MTC-00007691
Dumais, Joe | 0001 | MTC-00024336
Dumm, Bryan | 0001 | MTC-00018911
Dumm, Jeff | 0001 | MTC-00003755
Dunaway, Daniel | 0001 | MTC-00007135
dunbar@ cyberspace.org | 0002 | MTC-00016355
Duncan, Barbara | 0002 | MTC-00014299
Duncan, Beverly | 0001 | MTC-00029878
Duncan, James | 0001 | MTC-00024953
Duncan, Leslie | 0001 | MTC-00008868
Duncan, Madelyne | 0001 | MTC-00006233
Duncan, Richard | 0003 | MTC-00029007
Duncan, Robert | 0002 | MTC-00030345
Duncan, Steven | 0001 | MTC-00031652
Duncan, Tim | 0001 | MTC-00003874
Dunham, Colleen | 0001 | MTC-00009308
Dunham, Dave and Betty | 0001 | MTC-00029455
Dunlap, Bob | 0001 | MTC-00026161
Dunlap, Michael | 0001 | MTC-00015952
Dunlap, Natalie | 0001 | MTC-00030475
Dunlap, Robert | 0001 | MTC-00006798
Dunlap, Warren | 0001 | MTC-00005567
Dunleavy, Gareth | 0001 | MTC-00031348
Dunlop, Linda W. | 0002 | MTC-00031994
Dunlula, Greg | 0001 | MTC-00014993
Dunn, Bernard D. | 0001 | MTC-00000630
Dunn, Casey | 0001 | MTC-00019039
Dunn, Eugene F. | 0001 | MTC-00006438
Dunn, Jason M. | 0001 | MTC-00015383
Dunn, Lowell | 0001 | MTC-00006543
Dunn, Marleine | 0001 | MTC-00006288
Dunn, Matthew | 0001 | MTC-00009828
Dunn, Peter A. | 0001 | MTC-00025969
Dunn, Tom | 0001 | MTC-00006548
Dunn, William | 0002 | MTC-00009009
Dunn, William | 0001 | MTC-00013310
Dunne, Rob | 0001 | MTC-00014901
Dunphy, Ed | 0008 | MTC-00027537
Dunshee, John | 0002 | MTC-00033647
Dunsmore, Kirby | 0002 | MTC-00032133
Duong, Minh | 0002 | MTC-00000401
Duorkin, Daniel and Andrea | 0001 | MTC-00015556
Dupre, Tom | 0002 | MTC-00007487
Duprey, Brian H. | 0001 | MTC-00030321
Dupuis, Jacques | 0001 | MTC-00010406
Durand, Richard M. | 0001 | MTC-00032916
Durant, Chris | 0001 | MTC-00012803
Durant, Christopher | 0001 | MTC-00031349
Durham, Bill | 0002 | MTC-00025259
Durke, M.E. | 0001 | MTC-00026562
Durliat, Jack | 0001 | MTC-00005908
Durni, Tanya L. | 0001 | MTC-00004814
Durso, Margaret Rosser | 0001 | MTC-00008784
Duschean, Vince | 0001 | MTC-00008187
Dusza, Michael E. | 0001 | MTC-00005985
Duthie, G. Andrew | 0003 | MTC-00030420
Dutkofski, Jeff | 0001 | MTC-00016254
Duval, Jason | 0001 | MTC-00016873
DuVall, Dale | 0001 | MTC-00023346
Duwaldt, Kerry | 0001 | MTC-00007775
Dvorak, Pamela | 0002 | MTC-00010834
Dvorak, Pamela J | 0001 | MTC-00031139
dweick@ ashland.edu | 0001 | MTC-00028163
Dwight, John | 0002 | MTC-00013986
dwilliams@ admgt.com | 0001 | MTC-00017239
dwnowlin@ msn.com | 0001 | MTC-00017309
dwolr@ prologic-inc.com | 0001 | MTC-00021996
wyer, Andy | 0001 | MTC-00015710
Dwyer, Darlene | 0001 | MTC-00025757
Dwyer, Susan | 0007 | MTC-00004056
Dyar, Thomas | 0001 | MTC-00016326
Dyas, Gregory | 0002 | MTC-00016633
Dyck, Lionel B. | 0001 | MTC-00001554
Dyck, Bryan | 0001 | MTC-00018064
Dye, Tony | 0001 | MTC-00012546
Dyer, Sharrie | 0001 | MTC-00012839
Dyer, William K. | 0001 | MTC-00008848
Dyess | 0002 | MTC-00021886
Dykes, James | 0001 | MTC-00030143
Dylewski, Scott | 0001 | MTC-00019078
Dymond, Christopher | 0001 | MTC-00008263
Dymond, Christopher | 0001 | MTC-00004697
Dymond, Christopher S. | 0001 | MTC-00001572
Dynamic, Eric | 0005 | MTC-00019716
Dynes, Richard | 0002 | MTC-00017570
Dziuk, George L. | 0001 | MTC-00007913
E.S. | 0001 | MTC-00026599
e.von.breyman@
juno.com | 0001 | MTC-00024759
Eadarapalli, Srinivasa | 0001 | MTC-00012031
eagassoc@ aol.com | 0001 | MTC-00017216
Eagle, Irwin | 0001 | MTC-00031144
Eakins, Charles | 0001 | MTC-00002722
Eakins, Charles | 0001 | MTC-00015721
Earl | 0001 | MTC-00003883
Earle, Clifford R. | 0001 | MTC-00025711
Earley, Jim | 0001 | MTC-00005670
Earley, Mark L. | 0001 | MTC-00031186
Earnest, Mark | 0001 | MTC-00018166
Earp, Daniel | 0002 | MTC-00000492
Earp, Gordon | 0001 | MTC-00021892
Easling | 0001 | MTC-00003060
Eason, David | 0001 | MTC-00008546
East, Russ | 0001 | MTC-00005607
Eastbrook, Dan | 0001 | MTC-00014773
Easter, Jeff | 0001 | MTC-00016101
Easter, Margie O. | 0002 | MTC-00033447
Easterling, James R. | 0001 | MTC-00015679
Easterling, Robert E. | 0001 | MTC-00031171
Eastham, Clarissia | 0001 | MTC-00019925
Eastman, Dan | 0001 | MTC-00017993
Eastman, Doris | 0001 | MTC-00030138
Eaton, Frederik | 0001 | MTC-00004612
Eaton, Harry | 0001 | MTC-00018565
Eaton, William L. | 0001 | MTC-00006999
Eavey, Ben | 0001 | MTC-00016872
Ebb, Jim | 0001 | MTC-00021390
Ebentier, James | 0001 | MTC-00031659
Eberhardt, Carlos | 0001 | MTC-00016210
Eberle, E. | 0001 | MTC-00018194
Ebersole, Clarence | 0001 | MTC-00001216
Ebert, E.C. Jr. | 0001 | MTC-00022121
Ebert, John | 0001 | MTC-00029598
Ebner, Donald | 0001 | MTC-00025773
Ebsen, Clive M. | 0001 | MTC-00013967
Eby, Chad | 0001 | MTC-00015832
Eby, Zenda | 0001 | MTC-00013494
echen2 | 0001 | MTC-00021367
Echevarria, Orlando | 0002 | MTC-00004843
Echevarria, Orlando | 0001 | MTC-00017032
Echlin, John E. | 0001 | MTC-00031385
echrist1@
awr.alcatel.com | 0002 | MTC-00020931
Eckerich, Bill | 0001 | MTC-00008822
Eckhardt, Richard | 0001 | MTC-00010988
Eckman, David | 0002 | MTC-00032116
Eckman, Karlyn | 0001 | MTC-00006100
Eckstein, Gary | 0001 | MTC-00000170
Econopouly, John | 0001 | MTC-00003917
Econopouly, John | 0001 | MTC-00018765
Ed | 0001 | MTC-00000132
ed@ mail.lp.uab.edu | 0002 | MTC-00015589
Eddings, Jim | 0001 | MTC-00033814
Eddins, Harrison | 0001 | MTC-00002844
Eddy, Chris | 0001 | MTC-00003979
Eddy, William J. | 0002 | MTC-00031492
Eden, Mark | 0001 | MTC-00005098
Eden, Robert | 0001 | MTC-00022761
Edens, Jim | 0001 | MTC-00022046
Edgar, Mark | 0001 | MTC-00003013
Edge, Ben | 0001 | MTC-00022940
Edge, Julie | 0001 | MTC-00030214
Edgin, Wilma | 0001 | MTC-00006300
Ediger, Bruce | 0001 | MTC-00015279
Edlund, Scott | 0002 | MTC-00015805
Edluud, Paul | 0002 | MTC-00024559
Edmond, Antonio | 0001 | MTC-00015672
Edmondson, Andrew | 0001 | MTC-00001808
Edstrom, John | 0002 | MTC-00027077
EducateMe@ aol.com | 0002 | MTC-00000471
Edward, Steven | 0002 | MTC-00018874
Edwards Jr., Mark B. | 0001 | MTC-00031973
Edwards, Aaron | 0001 | MTC-00018899
Edwards, Arlie | 0001 | MTC-00020226
Edwards, Catherine | 0001 | MTC-00004087
Edwards, Chris | 0001 | MTC-00015490
Edwards, Ed | 0001 | MTC-00018462
Edwards, George G. | 0001 | MTC-00006464
Edwards, J. G. | 0001 | MTC-00013952
Edwards, J. Scott | 0001 | MTC-00004151
Edwards, J. Scott | 0002 | MTC-00027450
Edwards, Jason | 0001 | MTC-00024516
Edwards, Kevin | 0001 | MTC-00008017
Edwards, Robert | 0001 | MTC-00019048
Edwards, Steven | 0001 | MTC-00000788
Edwards, Sue | 0001 | MTC-00023147
Edwards, Tom | 0001 | MTC-00000388
Edwards, William | 0002 | MTC-00000657
EE | 0001 | MTC-00018199
Eernisse, Matthew | 0001 | MTC-00020155
Effenberger, Jerry | 0001 | MTC-00004477
Effenberger, Jerry | 0001 | MTC-00011481
Effenberger, Jerry | 0001 | MTC-00021959
Efimov, Oleg | 0002 | MTC-00011380
Efron, Morton L. | 0001 | MTC-00013174
Egan, Joseph | 0001 | MTC-00018794
Egan, Terrence | 0002 | MTC-00025082
Egbert, Timothy | 0002 | MTC-00027852
Egdorf, Skip | 0001 | MTC-00016618
Egger, Pat | 0001 | MTC-00013340
Eggert, Frederice | 0001 | MTC-00009329
Eggert, Thomas R. | 0001 | MTC-00006605
Eggleston | 0001 | MTC-00000696
Egland, Alice | 0002 | MTC-00033454
Eglin, J.J. | 0001 | MTC-00031153
egmears@ yahoo.com | 0001 | MTC-00021985
Ehle, David | 0002 | MTC-00016231
Ehlers, Marion | 0001 | MTC-00013297
Ehresman, Nathan | 0001 | MTC-00000256
Ehrhardt, Elaine | 0001 | MTC-00006774
Ehrilichman, Gloria | 0001 | MTC-00022804
Ehrler, James R. | 0001 | MTC-00021080
Ehrlich, Jim | 0001 | MTC-00003010
Eibert, Lillian | 0001 | MTC-00007848
Einer, Lee | 0002 | MTC-00003587
Einhorn, Robert | 0001 | MTC-00006252
Einig, Richard G. | 0001 | MTC-00006424
EIsenberg, J. David | 0001 | MTC-00019034
Eisenman, Tom | 0001 | MTC-00018449
Eisenmann, Jared | 0001 | MTC-00015712
Eisner, Charles | 0001 | MTC-00006031
Eiteljorg, Nice | 0001 | MTC-00003153
Eiteljorge | 0001 | MTC-00008580
Eitner, Don | 0002 | MTC-00002314
ejy@ wtb.usdoj.gov | 0001 | MTC-00019728
Ekiss, Barb | 0001 | MTC-00006912
Ekstein, Peter | 0002 | MTC-00004667
Elahi, Bijan | 0001 | MTC-00007251
Elam, Troy | 0001 | MTC-00003194
ELCEL@ aol.com | 0001 | MTC-00006568
Elder, Dick | 0001 | MTC-00030764
Elder, Franklin Terry | 0001 | MTC-00007823
Elder, Preston A. | 0004 | MTC-00004551
Eldridge, Dominic | 0001 | MTC-00019466
Elias, Elmer | 0002 | MTC-00033619
Elias, Geoffe | 0004 | MTC-00020410
Elias, Ziad | 0001 | MTC-00006274
Eliason, Bob | 0001 | MTC-00002413
Elkin, Keith | 0001 | MTC-00012134
Elkins, Brett | 0002 | MTC-00031590
Elkins, Jeff | 0001 | MTC-00019615
Elkins, Scott | 0001 | MTC-00013582
Ellen, Thomas | 0001 | MTC-00000364
Eller, Bill 002 | 0001 | MTC-00029367
Ellett, G. Baker | 0001 | MTC-00031834
ellieford@ juno.com | 0001 | MTC-00028115
Ellington, Jeremy | 0001 | MTC-00016450
Ellinthorpe, Walter | 0002 | MTC-00021085
Elliot, Clark | 0001 | MTC-00018555
Elliot, Valerie | 0001 | MTC-00022364
Elliott, Brian D. | 0001 | MTC-00016753
Elliott, Clark | 0001 | MTC-00018546
Elliott, Geoffrey R. | 0001 | MTC-00017609
Elliott, Ian | 0001 | MTC-00002088
Elliott, Mal | 0001 | MTC-00004809
Elliott, Patrick | 0001 | MTC-00025034
Ellis, Bob | 0001 | MTC-00018142
Ellis, Bob | 0001 | MTC-00018240
Ellis, David | 0001 | MTC-00002468
Ellis, Duane | 0005 | MTC-00030199
Ellis, George O. | 0001 | MTC-00003884
Ellis, Randy | 0001 | MTC-00010250
Ellis, Rob | 0001 | MTC-00028417
Ellis, Sam | 0001 | MTC-00029752
Ellis-Stephens, Valeri | 0002 | MTC-00030773
Ellison, Marcus Edward | 0001 | MTC-00024365
Ellison, Ralph and Doris | 0001 | MTC-00005352
Ellmaker, Charles | 0001 | MTC-00020901
Ellmer, Joeseph F. | 0001 | MTC-00031711
Ellsworth, Eric | 0001 | MTC-00019472
Ellsworth, Jenny | 0002 | MTC-00004373
Ellsworth, Jenny | 0001 | MTC-00019869
Ellsworth, Scott | 0003 | MTC-00004334
Elmore, Robert | 0002 | MTC-00030885
Elsey, Bert | 0001 | MTC-00020952
Elshire, Rob | 0001 | MTC-00016500
Elvey, Andy | 0001 | MTC-00006728
Elvinscow@ aol.com | 0001 | MTC-00008479
Embery, Nathan | 0001 | MTC-00015802
Emblidge, Mark | 0001 | MTC-00031740
Embree, Chris | 0001 | MTC-00003028
Emelianoff, Dimitiri | 0001 | MTC-00028092
Emerins, Paul | 0001 | MTC-00007054
Emerson, Andrew | 0001 | MTC-00029602
Emerson, Robert | 0001 | MTC-00002567
Emery, Michael | 0002 | MTC-00033496
Emery, Ric | 0001 | MTC-00014229
Emlet, Herry | 0003 | MTC-00028813
Emmick, Mary | 0001 | MTC-00028883
eMurphTheSurf@
aol.com | 0001 | MTC-00017292
Enders, Tim | 0001 | MTC-00015283
Enders, Timothy | 0001 | MTC-00000837
Enders, Win | 0001 | MTC-00025475
Enders, Win B. | 0001 | MTC-00006982
Eng, Melvin D. | 0001 | MTC-00001338
Engbers, Dave | 0001 | MTC-00000438
Engel, Anthony | 0001 | MTC-00015876
Engel, Jack | 0002 | MTC-00026268
Engel, John | 0001 | MTC-00016073
Engel, John A. | 0001 | MTC-00007919
Engelby, Michael | 0001 | MTC-00015779
Engelman, Curtis | 0001 | MTC-00000664
Engle, Allan | 0001 | MTC-00028783
Engler, Jim | 0001 | MTC-00008881
Englert, Michael | 0002 | MTC-00031548
Engles, Diane | 0002 | MTC-00026384
Englund, Richard | 0002 | MTC-00022544
enkap@
christianlifectr.org | 0001 | MTC-00024239
Enlau, Paula | 0001 | MTC-00029586
Ennis, Randy | 0002 | MTC-00004210
Enoksen, Larry | 0001 | MTC-00005875
Enos, Gary | 0002 | MTC-00027869
Enos, Michael | 0001 | MTC-00017013
Enouven, William | 0001 | MTC-00011242
Ensenbach, Donald L. | 0001 | MTC-00006358
Ensley, Jack | 0001 | MTC-00010231
Enstall, Thomas E. | 0003 | MTC-00015042
Ensteness | 0002 | MTC-00013080
Enters, John | 0001 | MTC-00015588
Epbawmanl@ aol.com | 0001 | MTC-00007137
Eppersan, Beth | 0002 | MTC-00024963
Eppert, Brian | 0001 | MTC-00002458
Epstein, Marvin | 0001 | MTC-00030796
Erbaugh, Zachery | 0001 | MTC-00016240
Ereth | 0001 | MTC-00016292
Ericksen, Mark | 0001 | MTC-00015769
Erickson, Eldon | 0001 | MTC-00008650
Erickson, Eric | 0003 | MTC-00013325
Erickson, Stephen | 0001 | MTC-00030501
Erickson, Steve | 0001 | MTC-00000608
Erickson, Tara | 0002 | MTC-00031645
Ericson, Gene | 0001 | MTC-00030153
Ericson, Steve | 0001 | MTC-00003756
Erik | 0001 | MTC-00019538
Eriksen | 0001 | MTC-00024010
Eriksen, John | 0002 | MTC-00011162
erkkifin@ mfi.net | 0001 | MTC-00011315
Erland, A. | 0001 | MTC-00004040
Erlandson, Duane | 0001 | MTC-00009490
Ernest, Swight A. | 0001 | MTC-00010272
Ernett, Evan | 0001 | MTC-00030620
Ernst, Chris | 0001 | MTC-00030419
Ernst, Ian | 0002 | MTC-00015620
Erskine, Donald | 0001 | MTC-00009563
Erskine, Peter Stephen | 0001 | MTC-00015131
Ervin, Andre | 0002 | MTC-00016497
Erwin, Chistopher | 0001 | MTC-00018319
Erwin, Jeff | 0001 | MTC-00006528
Escett, David | 0003 | MTC-00003714
Escher, Shirley and Don | 0001 | MTC-00008667
Eshelman, Alan | 0001 | MTC-00016800
Eshelman, Dale | 0001 | MTC-00032127
Eshleman, James | 0001 | MTC-00011260
Eskimopup@ aol.com | 0001 | MTC-00011591
Eslinger, Eric | 0001 | MTC-00016842
Eslinger, Joan | 0004 | MTC-00029044
ESM@ mac.com | 0001 | MTC-00012720
Esman, Jo Phylis | 0001 | MTC-00029615
Espey, John | 0001 | MTC-00008174
Espey, John | 0002 | MTC-00014701
Espinoza, Danny | 0001 | MTC-00016278
Esposito, Paul | 0001 | MTC-00000175
Espy, Sam | 0002 | MTC-00011969
Esrey, Joseph | 0002 | MTC-00027127
Essman, Bob | 0001 | MTC-00029160
Estaba, Carmen and Victor | 0001 | MTC-00006992
Estaba, Victor and Carmen | 0001 | MTC-00011816
Estep, Paul | 0001 | MTC-00019451
Estes, Jeff | 0001 | MTC-00012405
Estes, Mel | 0001 | MTC-00011705
Estes, Stephen | 0001 | MTC-00026245
Estes, Ted | 0001 | MTC-00020088
estevan@ mar.com | 0001 | MTC-00016076
Estevas, Pablo | 0001 | MTC-00017463
Estrada, Aaron | 0001 | MTC-00003738
Ethridge, Mary Alice | 0001 | MTC-00030403
Etkin, Mayer | 0003 | MTC-00029354
Ettinger, Andrew | 0001 | MTC-00018909
Etzzy@ aol.com | 0001 | MTC-00008707
Eubank, Tom | 0002 | MTC-00011186
Eugene, Frantz, Glenn | 0002 | MTC-00007864
Eure, John | 0001 | MTC-00027261
Evan, Chris | 0003 | MTC-00033381
Evangelinos, Stefanos | 0001 | MTC-00029946
Evanko, Edward | 0002 | MTC-00033644
Evans, Barney | 0001 | MTC-00015597
Evans, Cal | 0001 | MTC-00016251
Evans, Dan | 0001 | MTC-00014146
Evans, David | 0002 | MTC-00001257
Evans, Edwin | 0001 | MTC-00008140
Evans, Elizabeth | 0001 | MTC-00004018
Evans, Eric | 0002 | MTC-00016215
Evans, Gary | 0001 | MTC-00005593
Evans, Israel | 0001 | MTC-00017168
Evans, John | 0001 | MTC-00032018
Evans, Livia | 0001 | MTC-00029480
Evans, Marge | 0001 | MTC-00029534
Evans, Mark | 0001 | MTC-00001996
Evans, Mike | 0001 | MTC-00013563
Evans, Richard | 0003 | MTC-00014639
Evans, Robert | 0001 | MTC-00022823
Evans, Steve | 0001 | MTC-00000577
Evans, Steven | 0001 | MTC-00018205
Evans, Tony | 0001 | MTC-00014825
Evans, Tyson | 0001 | MTC-00013583
Eveland, Raymond | 0001 | MTC-00007550
Evens, Michael K. | 0001 | MTC-00030099
Everett, Ballard | 0001 | MTC-00029753
Everett-lane, Michael | 0002 | MTC-00024630
everett@ cwnet.com | 0001 | MTC-00015977
Everhart, Glenn | 0001 | MTC-00015211
Everle, Martin | 0001 | MTC-00016354
Everline, Hugh | 0002 | MTC-00025666
Everson, Benjamin | 0001 | MTC-00004617
Everson, Michael Paul | 0001 | MTC-00003909
everydaynow@
worldnet.at.net | 0001 | MTC-00013816
everydaynow@
worldnet.att.net | 0001 | MTC-00013818
Evil Mr. Henry | 0001 | MTC-00003891
Ewig, Ralph | 0001 | MTC-00000059
Ewing, Martin | 0001 | MTC-00003232
ewspak@ yahoo.com | 0001 | MTC-00028112
exileweb@ hotmail.com | 0001 | MTC-00010925
exnun68@ juno.com | 0001 | MTC-00028137
Eye, Kevin | 0001 | MTC-00017819
Eyer, Daniel | 0001 | MTC-00022262
Eypka-Hauer, Jared | 0001 | MTC-00027150
Ezekiel, Mike | 0001 | MTC-00005239
F, Lou | 0001 | MTC-00008205
Faaborg, Kevin A. | 0002 | MTC-00028879
Faber, Rick | 0001 | MTC-00023045
Fabian, Shirley | 0001 | MTC-00008900
Fabiani, John | 0001 | MTC-00019251
Fabijaaic, Jeff | 0002 | MTC-00028478
Fabrizio, Randall | 0001 | MTC-00020863
Fadullar, Esteban T. Jr. | 0001 | MTC-00013780
Fagerburg, Eric | 0002 | MTC-00018790
Fago, Matt | 0001 | MTC-00019801
Fahl, Matthew | 0001 | MTC-00002613
Fahrbach, William A. | 0001 | MTC-00006638
Fahrlander, Brian | 0003 | MTC-00014922
Failor, Edward Jr. | 0001 | MTC-00030037
Failor, Edward O. Jr. | 0001 | MTC-00030033
Fain, Boria | 0002 | MTC-00031069
Fain, Joe | 0001 | MTC-00005474
Fair, John E. | 0002 | MTC-00020880
Fairbanks, Dale | 0001 | MTC-00001373
Fairbanks, Raymond | 0002 | MTC-00027964
Fairchild, Don | 0001 | MTC-00018176
Fairchild, Hans | 0001 | MTC-00023133
Fairhurst, Eric | 0001 | MTC-00033800
Fairhurst, Eric R. | 0001 | MTC-00000387
Fakamas, A.D. | 0001 | MTC-00031628
Fakonas, A.D. | 0001 | MTC-00031579
Fakonas, Tony | 0002 | MTC-00014303
Faling, Bruce | 0002 | MTC-00009429
Falk, Allen | 0002 | MTC-00014222
Falks, Kelly L. | 0001 | MTC-00001008
Fallon, Scott | 0001 | MTC-00003085
Faltisco, Rich | 0001 | MTC-00010327
Famine, Lord | 0001 | MTC-00018335
FAN1957 | 0001 | MTC-00006610
Fan1957 | 0001 | MTC-00004353
Fandrich, Bryan | 0001 | MTC-00009931
Fane, Saney | 0001 | MTC-00006732
Fangaellaz, William | 0001 | MTC-00026512
Fangman, Matt | 0001 | MTC-00005723
Fanning, Gary | 0001 | MTC-00000872
Fanning, Gary N. | 0001 | MTC-00032260
Farabaugh, Jeremy | 0001 | MTC-00018328
Farber, Saul | 0001 | MTC-00016157
Farin, Pat | 0001 | MTC-00031075
Farler, James S. | 0001 | MTC-00001687
Farley, Ben | 0001 | MTC-00015915
Farley, Frederick A. | 0001 | MTC-00025286
Farley, Mark | 0002 | MTC-00025585
Farley, Marsha | 0001 | MTC-00031215
Farmer, Wes | 0001 | MTC-00008460
Farnham, Michael R. | 0001 | MTC-00009610
Farnham, Richard | 0002 | MTC-00026381
Farquuad, Ray | 0001 | MTC-00000448
Farr, John | 0001 | MTC-00006818
Farrand, Dan | 0001 | MTC-00007171
Farrand, Dan | 0002 | MTC-00016401
Farrar, Glenn | 0001 | MTC-00012585
Farrell, John L. | 0001 | MTC-00006489
Farrell, Susan | 0002 | MTC-00023032
Farrell, Thomas | 0001 | MTC-00000258
Farrell, Tony | 0001 | MTC-00003248
Farthing, Lain (not publish name) | 0002 | MTC-00020624
Farwell, Paul | 0002 | MTC-00011094
Fascher, Bonnie | 0001 | MTC-00031039
Fasheh, Mark | 0001 | MTC-00018078
Fass, Sheila | 0001 | MTC-00011628
Faster, Michael R. | 0002 | MTC-00030884
Faughn, Bonnie | 0001 | MTC-00020818
Faughnan, John | 0001 | MTC-00019919
Faulk, Donald | 0001 | MTC-00030131
Faulkner, Charles | 0002 | MTC-00027910
Faunce, Ron | 0002 | MTC-00029475
Fauretti, Piero | 0001 | MTC-00012929
Favetti, M.V. | 0001 | MTC-00009499
Favor, Michael | 0001 | MTC-00024845
Favretti, Pierro | 0001 | MTC-00002330
Fawcett, Erika | 0001 | MTC-00023275
Fawcett, John | 0002 | MTC-00016425
Faye, Judy | 0001 | MTC-00005541
Faylor, Earl | 0001 | MTC-00006591
Feathers, Brian L. | 0001 | MTC-00016858
febetz@ toad.net | 0001 | MTC-00028588
Federspiel, Fred J. | 0001 | MTC-00021115
Fedor, Joan | 0001 | MTC-00029157
Fedorchak, Albert | 0001 | MTC-00027744
Feeney, Tom and Kallinger, Jim | 0002 | MTC-00031726
Fege, Joe | 0001 | MTC-00008634
Fehm | 0001 | MTC-00029583
Feighny, James | 0002 | MTC-00033663
Feign, David | 0001 | MTC-00027293
Feikes, JoAnn | 0001 | MTC-00008188
Fejer, Gergely | 0002 | MTC-00016366
Felbab, James R. | 0001 | MTC-00001158
Felbab, James R. | 0001 | MTC-00008220
Felbab, Jim R. | 0001 | MTC-00001422
Feldman, Alan | 0001 | MTC-00008850
Feldman, Geoffrey | 0001 | MTC-00027250
Feldman, Jules | 0001 | MTC-00028323
Feldman, Ron | 0002 | MTC-00000183
Felice, Don | 0001 | MTC-00000449
Felice, Jason | 0002 | MTC-00016336
Feligno, JoAnn | 0001 | MTC-00031041
Felix, Patricia | 0001 | MTC-00030957
felix@ crowtix.com | 0002 | MTC-00013136
Felker, Daniel | 0001 | MTC-00018068
Feller, Jack | 0001 | MTC-00031961
Fellner, Clayton | 0001 | MTC-00028354
Felman, Barbara | 0001 | MTC-00007213
Felske, David | 0001 | MTC-00007151
Felske, David | 0001 | MTC-00023290
Felton, Ian | 0001 | MTC-00016915
Felts, Margaret | 0001 | MTC-00010251
Felts, Paul | 0001 | MTC-00018802
Felts, Tom | 0001 | MTC-00015428
Fennell, Tom | 0001 | MTC-00011021
Fenner, Fred | 0001 | MTC-00018609
Fennerty, Francis E. | 0001 | MTC-00006483
Fenstad, jo | 0002 | MTC-00016086
Fensterman, Phoebe | 0001 | MTC-00025909
Fenton, Scott | 0001 | MTC-00022865
Fenwick, Chris | 0001 | MTC-00019517
Feratherstone, Chuck | 0001 | MTC-00030003
Fergusen, Robert | 0001 | MTC-00009803
Fergusen, Warren | 0001 | MTC-00016230
Ferguson, Andrew | 0001 | MTC-00019629
Ferguson, James Justin | 0001 | MTC-00013565
Ferguson, Joyce | 0001 | MTC-00026593
Ferguson, Todd | 0002 | MTC-00024391
Ferguson, Todd Louis | 0002 | MTC-00024757
Ferland, Jeff | 0002 | MTC-00012834
Ferlatte, Mark | 0001 | MTC-00017564
Ferlauto, Thomas | 0001 | MTC-00024705
Fernandes, David-James | 0002 | MTC-00013558
Fernandez, Daniel | 0001 | MTC-00009183
Fernandez, Sylvia | 0001 | MTC-00030029
Fernbach, Ewald | 0003 | MTC-00025693
Fernee, Richard | 0001 | MTC-00013627
Fernhout, Paul | 0001 | MTC-00018061
Ferone, Nick | 0001 | MTC-00026723
Ferrari, Marge | 0001 | MTC-00007633
Ferraro, Fred | 0001 | MTC-00003577
Ferraro, James | 0001 | MTC-00005370
Ferraro, James | 0002 | MTC-00030077
Ferreira, Louis W. | 0001 | MTC-00009886
Ferreira, Pedro | 0001 | MTC-00005779
Ferrell, Robert & Byrd, Joe | 0002 | MTC-00029432
Ferrer, Maria | 0001 | MTC-00030069
Ferrini, Martin | 0001 | MTC-00012895
Ferrovecchio, Emilia | 0001 | MTC-00013858
Ferrovecchio, Joseph J. | 0001 | MTC-00013853
Ferson, Scott | 0002 | MTC-00029922
Fessler, Joe | 0001 | MTC-00019640
Fessler, Travis | 0001 | MTC-00022278
Fether, Jon | 0002 | MTC-00015253
Fetrau, David | 0002 | MTC-00027443
Fetuadjiev, Kalin | 0001 | MTC-00015890
Fever, Jared | 0001 | MTC-00013316
Fey, Thomas | 0001 | MTC-00031763
Fiala, Rhoda | 0001 | MTC-00005691
Fichthorn, Nate | 0001 | MTC-00018599
Fickenwirth, Robert P. | 0001 | MTC-00025631
Fieberg, Paul | 0001 | MTC-00006592
Fiedler, Jon | 0001 | MTC-00015935
Fiedoruk, Luri | 0001 | MTC-00015092
Field, Alan | 0002 | MTC-00019287
Field, Charles | 0001 | MTC-00030166
Field, Frank | 0001 | MTC-00014965
Field, Tom | 0001 | MTC-00006210
Field, Tom | 0001 | MTC-00018409
Fielder, Carolyn | 0001 | MTC-00013207
Fields, Douglas P | 0002 | MTC-00031080
Fields, Douglas P. | 0001 | MTC-00031166
Fields, Mary | 0001 | MTC-00010193
Fields, Paul | 0001 | MTC-00023509
Fields, Rick | 0001 | MTC-00013799
Fields, Scott L. | 0007 | MTC-00023556
Fiene, Curtis L. | 0001 | MTC-00001675
Figarsky, Ed | 0001 | MTC-00014958
Figlozzi, Mark | 0004 | MTC-00024197
Figueroa, C. | 0001 | MTC-00005229
Fila, Bob | 0001 | MTC-00001395
File, Jason | 0001 | MTC-00017540
Filip, Radu | 0006 | MTC-00018879
Filla, Tina | 0001 | MTC-00030425
Filley, Dwight | 0002 | MTC-00031547
Finamore, Lucille | 0001 | MTC-00008270
Finbre, James | 0001 | MTC-00030865
Finch, Chip | 0001 | MTC-00013704
Finch, Felix | 0001 | MTC-00016200
Fincher, Glenn | 0001 | MTC-00005092
Finchum, Anthony | 0001 | MTC-00032066
Findley, Barbara | 0003 | MTC-00028736
Findley, Susan | 0001 | MTC-00010006
Fine, Gary | 0001 | MTC-00008583
Fine, Tamara | 0001 | MTC-00025638
Finegold, Richard | 0001 | MTC-00020342
Finerty, Patrick S. Jr. | 0001 | MTC-00016351
Finey, Michael | 0001 | MTC-00031473
Fining, Steven | 0001 | MTC-00015326
Fink, Carl | 0001 | MTC-00001452
Fink, Steve | 0001 | MTC-00020165
Finke, Detmar | 0001 | MTC-00011703
Finkeldei, Scott | 0001 | MTC-00020050
Finkelstein, Jeff | 0001 | MTC-00012555
Finkelstein, Jonathan | 0001 | MTC-00031506
Finley, Richard | 0001 | MTC-00000670
Finnegan, John | 0001 | MTC-00015755
Finney, Michael | 0001 | MTC-00003008
Finney, Michael | 0001 | MTC-00002510
Finney, Richard | 0001 | MTC-00003186
Finney, Richard | 0001 | MTC-00016270
Finocchiaro, Alfonso | 0001 | MTC-00007613
Fiorendino, Rob | 0001 | MTC-00001246
Fisch, Ernie | 0001 | MTC-00023026
Fisch, Ernie | 0001 | MTC-00024912
Fischee, Criag | 0001 | MTC-00005738
Fischer, Danny | 0001 | MTC-00029080
Fischer, Edward P. | 0001 | MTC-00006895
Fischer, Gordon | 0001 | MTC-00015880
Fischer, Jerre | 0002 | MTC-00023417
Fischer, Les | 0003 | MTC-00023882
Fischer, William | 0002 | MTC-00019855
Fish, Christopher | 0001 | MTC-00016657
Fish, Christopher | 0001 | MTC-00016824
Fish, Christopher | 0001 | MTC-00006512
Fish, Joe | 0002 | MTC-00017879
Fishbein, Jeffrey L. | 0001 | MTC-00018586
Fisher, Bennett | 0001 | MTC-00009069
Fisher, Craig | 0002 | MTC-00017497
Fisher, Eric | 0002 | MTC-00019560
Fisher, Floyd | 0001 | MTC-00025542
Fisher, Frankie | 0001 | MTC-00014928
Fisher, Gary | 0001 | MTC-00020512
Fisher, Morton D. | 0001 | MTC-00007399
Fisher, Nick | 0001 | MTC-00017034
Fishman, Josh | 0002 | MTC-00017717
Fishman, Marc | 0001 | MTC-00001048
Fisk, William and Gwen | 0001 | MTC-00005108
Fister, Rick | 0001 | MTC-00014051
Fitch, Christopher | 0002 | MTC-00024462
Fitch, Kevin | 0001 | MTC-00017185
Fitzgerald, Allen | 0001 | MTC-00001971
Fitzgerald, Dan | 0001 | MTC-00006880
Fitzgerald, Ed | 0001 | MTC-00006861
Fitzgerald, Micael | 0001 | MTC-00008313
Fitzgerald, Michael | 0001 | MTC-00002044
Fitzgerald, Peggy | 0002 | MTC-00009093
Fitzsimmons, Jeannine | 0001 | MTC-00029698
Fix It | 0001 | MTC-00024837
Fix, Donald F. | 0001 | MTC-00025933
Fix, Steve | 0001 | MTC-00012557
Fixemar, Jeremy | 0002 | MTC-00023484
fjb8@ cornell.edu | 0001 | MTC-00015958
Fjerstad, Erik | 0001 | MTC-00002750
Fkroos, Arthur K. | 0001 | MTC-00031821
Fladebo, David | 0001 | MTC-00006080
Flagg, Cris | 0001 | MTC-00021197
Flagg, Tony | 0001 | MTC-00024219
Flaherty, Peter T. | 0001 | MTC-00030340
Flaig, Gerd | 0001 | MTC-00018840
Flake, George | 0001 | MTC-00005265
Flanegan, Dan | 0001 | MTC-00011200
Flanegan, Sean | 0001 | MTC-00012842
Flanigan, Ian | 0001 | MTC-00018716
Flanigan, Dan | 0001 | MTC-00009148
Fleck, Christopher Lee | 0001 | MTC-00014883
Fleck, Robert H. | 0001 | MTC-00008561
Fleischman, Bernard | 0002 | MTC-00026836
Fleisher, ISabel | 0001 | MTC-00005675
Fleishman, Raphael | 0003 | MTC-00026412
Flemer, James | 0001 | MTC-00018126
Fleming, Casey | 0001 | MTC-00026320
Fleming, Jason G. | 0001 | MTC-00027277
Fleming, Michael | 0001 | MTC-00031379
Fleming, Patrick | 0002 | MTC-00026984
Flenner, Ron and Lucy | 0001 | MTC-00008200
Fleschner, Kurt | 0001 | MTC-00026410
Fletcher, Bill | 0001 | MTC-00030382
Fletcher, Boyd | 0002 | MTC-00020033
Fletcher, David | 0001 | MTC-00012879
Flink, Evan | 0001 | MTC-00023790
Flohr, John C. | 0001 | MTC-00031784
Florea, Nathan | 0002 | MTC-00027608
Flores, Herbert | 0002 | MTC-00024527
Flores, John G. | 0003 | MTC-00031764
Florian, Kent | 0001 | MTC-00017830
Flory, Rob | 0001 | MTC-00007768
Floura, Ranvir | 0001 | MTC-00029106
Flowers, Sheldon | 0002 | MTC-00033476
Flowling@ aol.com | 0001 | MTC-00012604
Floyd, E. | 0001 | MTC-00004795
Floyd, Marih | 0001 | MTC-00021351
Floyd, Monty C. | 0001 | MTC-00028521
Floyd, Terry | 0002 | MTC-00028935
Fluegel, Curt | 0002 | MTC-00030065
Flugstad, Pete | 0001 | MTC-00016001
Flynn, Derek | 0001 | MTC-00016373
Flynn, James | 0001 | MTC-00005546
Flynn, Pauline | 0001 | MTC-00020820
Flynn, Sean | 0001 | MTC-00004482
Flynn, Sean | 0001 | MTC-00008166
Fodi, Virginia | 0002 | MTC-00023795
Foelsche, Arthur | 0001 | MTC-00015148
Foerster, Bill | 0002 | MTC-00028773
Foerster, Scott | 0001 | MTC-00002911
Fogal, Pierre | 0003 | MTC-00004945
Fogelson, Roger | 0001 | MTC-00008529
Fogg, Donald | 0002 | MTC-00033441
Fogg, Frederick | 0001 | MTC-00000354
Fogg, Mike E. | 0001 | MTC-00007894
Fohey, Scott | 0001 | MTC-00018741
Foland, Mike | 0001 | MTC-00025916
Folck, Travis | 0002 | MTC-00003767
Foley, Joseph | 0001 | MTC-00015877
Foley, Lucia | 0001 | MTC-00010851
Foley, Mike | 0002 | MTC-00033686
Foley, Mike | 0002 | MTC-00033832
Foley, Sharon | 0002 | MTC-00033445
Foli, Brian | 0001 | MTC-00003251
Folsam, Keith E. | 0002 | MTC-00027436
Folsom, Jamie | 0001 | MTC-00028364
Folsom, Keith E. | 0002 | MTC-00033536
Folz, Allan | 0001 | MTC-00016960
Fonda, Greg | 0002 | MTC-00018747
Fong, Chester C. | 0002 | MTC-00009186
Fong, Chung | 0001 | MTC-00019096
Fonner, Jean | 0001 | MTC-00007601
Fontana, Rick | 0001 | MTC-00008519
Fontanilla, Eric | 0002 | MTC-00028351
Fontanilla, Jennifer | 0002 | MTC-00028366
Fonter, David E. | 0001 | MTC-00031146
Fonvergne, Wesley | 0001 | MTC-00016919
Forat, Eric C. | 0001 | MTC-00024725
Forbes, Scott | 0001 | MTC-00013288
Forbes, Spike | 0003 | MTC-00009985
Force, Solid | 0001 | MTC-00019955
Ford, Colleen | 0001 | MTC-00018719
Ford, David | 0001 | MTC-00014811
Ford, Emery | 0001 | MTC-00016038
Ford, Frederick | 0001 | MTC-00008213
Ford, Jack | 0001 | MTC-00005152
Ford, john | 0002 | MTC-00014110
Ford, John | 0001 | MTC-00015088
Ford, Marjorie M. | 0001 | MTC-00007932
Ford, Richard | 0001 | MTC-00019998
Ford, Rod | 0001 | MTC-00002651
Forde, George | 0003 | MTC-00031064
Foreman | 0001 | MTC-00005079
Foreman, David | 0001 | MTC-00033700
Foreman, Wilfred and Imogene | 0001 | MTC-00026459
Forinash, John D. | 0001 | MTC-00018867
Forkazoo2@ aol.com | 0002 | MTC-00018630
Forman, Paul | 0002 | MTC-00021037
Formancer, Chris | 0001 | MTC-00017842
Formanek, Rosemary | 0001 | MTC-00026745
Formwalt, W.E. | 0001 | MTC-00006890
Fornadley, BJ | 0001 | MTC-00011701
Forouhar, Andy | 0002 | MTC-00028982
Forrest, David | 0001 | MTC-00015868
forspan2@ yahoo.com | 0001 | MTC-00024789
Forster, B. | 0001 | MTC-00026550
Forster, Jameson | 0001 | MTC-00027116
Forster, Rudolf | 0001 | MTC-00008039
Fortain, Eugene | 0001 | MTC-00023858
FORTIERSLS@ aol.com | 0001 | MTC-00006313
Fortin, Michael | 0001 | MTC-00004063
Fortmann, Deith | 0001 | MTC-00029929
Foster, Bill | 0001 | MTC-00031177
Foster, Byron | 0002 | MTC-00031932
Foster, David | 0001 | MTC-00019543
Foster, Donald | 0001 | MTC-00007784
Foster, Duane | 0001 | MTC-00031923
Foster, Geof | 0001 | MTC-00011849
Foster, Gifford | 0001 | MTC-00009678
Foster, Greg | 0001 | MTC-00015035
Foster, James W. III | 0001 | MTC-00016268
Foster, Rob | 0001 | MTC-00005120
Foster, Stephen | 0001 | MTC-00020573
Fotter, Matt | 0001 | MTC-00003415
Fougere, Jay | 0001 | MTC-00020977
Foundotos, Georgia | 0001 | MTC-00028378
Fountain, Frank | 0001 | MTC-00024400
Fountain, Susan | 0001 | MTC-00019648
Fourie, Eduard | 0001 | MTC-00025762
Foust, Ursula W. | 0001 | MTC-00007310
Foutch, Morris C. | 0001 | MTC-00004337
Fouts, Barbara | 0001 | MTC-00013439
Fowler, Andrew | 0001 | MTC-00001535
Fowler, Carole | 0002 | MTC-00012052
Fowler, Luke | 0001 | MTC-00024325
Fowler, Mike | 0002 | MTC-00011545
Fowler, Robert | 0001 | MTC-00015010
Fowler, Timothy J. | 0002 | MTC-00017480
Fowler, William | 0001 | MTC-00015574
Fox, Andrew | 0001 | MTC-00011471
Fox, Andrew | 0001 | MTC-00005756
Fox, Anthony W. | 0001 | MTC-00005119
Fox, Bill | 0002 | MTC-00004616
Fox, Charles | 0001 | MTC-00029970
Fox, Damien | 0002 | MTC-00013871
Fox, David | 0001 | MTC-00019521
Fox, Erol | 0001 | MTC-00007674
Fox, Gordon | 0001 | MTC-00028720
Fox, Jason | 0002 | MTC-00015666
Fox, Joseph | 0001 | MTC-00008482
Fox, Malcolm | 0001 | MTC-00017217
Fox, Mike | 0001 | MTC-00015280
Fox, Pat | 0001 | MTC-00008819
Fox, Sharon | 0001 | MTC-00030878
Fox, Sophie | 0001 | MTC-00008575
Fox, Tammy | 0001 | MTC-00029882
Fox, Wayne | 0001 | MTC-00001780
Foy, Michael | 0001 | MTC-00013287
Foy, Rex | 0001 | MTC-00026605
Foy, Will | 0001 | MTC-00016258
Foye, Gerald | 0001 | MTC-00009025
Frable, Frank | 0001 | MTC-00010007
Frack, J.W. | 0002 | MTC-00029537
Fraley, Daron | 0001 | MTC-00015368
France, Kyle | 0001 | MTC-00030866
Frances, Horace | 0001 | MTC-00020564
Francis, Marvin H. | 0001 | MTC-00008892
Francis, Matt | 0001 | MTC-00004080
Francis, Scott | 0001 | MTC-00018220
Francis, Vicky | 0001 | MTC-00028786
Francis, Will | 0001 | MTC-00025033
Franciscus, Naden | 0001 | MTC-00000133
Frank, Andrew | 0002 | MTC-00024788
Frank, Corey | 0001 | MTC-00014961
Frank, Donald | 0002 | MTC-00012907
Frank, Frank | 0001 | MTC-00022845
Frank, Richard | 0001 | MTC-00025270
Frank, Roger | 0001 | MTC-00018573
Frank, Steve | 0001 | MTC-00017800
Franke, Steve | 0001 | MTC-00006829
Frankel, Rebecca | 0010 | MTC-00030559
Frankel, Rebecca | 0009 | MTC-00026552
Frankenstein, Paul | 0002 | MTC-00018846
Frankfurth, John | 0001 | MTC-00005488
Frankhauser, Doug | 0001 | MTC-00005402
Frankhauser, Nick | 0001 | MTC-00023135
Frankiel, Sam | 0001 | MTC-00018496
Frankl, William S. | 0001 | MTC-00012805
Franklin, Don | 0001 | MTC-00007242
Franklin, Doug | 0001 | MTC-00015425
Franklin, Mike | 0001 | MTC-00030206
Franklin, Wade | 0001 | MTC-00017711
Franklin, William | 0001 | MTC-00009060
Franklin, William M. | 0001 | MTC-00006978
Franklyn, Bernard | 0001 | MTC-00023977
Franks, Edward P. | 0001 | MTC-00030314
Franlindberg@ msn.com | 0001 | MTC-00015993
Frantz, Ronald S. | 0001 | MTC-00005925
Franz, Delbert D. | 0001 | MTC-00026581
Franz, Joe | 0001 | MTC-00001265
Franz, Roy | 0001 | MTC-00019119
Frapazoid1.9 | 0002 | MTC-00009833
Fraser, Douglas | 0001 | MTC-00003161
Fraser, J. David | 0001 | MTC-00014712
Frawley, Michael | 0001 | MTC-00009533
Frazao, Celso | 0001 | MTC-00023188
Frazee, Joseph P. | 0001 | MTC-00003685
Frazer, Alexa | 0001 | MTC-00027538
Frazer, J. D. | 0001 | MTC-00017621
Frazho, Kim S. | 0001 | MTC-00007203
Frazier, Donna | 0001 | MTC-00030372
Frechette, Marcel | 0003 | MTC-00031974
Fred Hamilton | 0002 | MTC-00019726
Fred, Richard | 0001 | MTC-00008532
FRED21@ aol.com | 0001 | MTC-00027259
fred@ ncpharmacists.org | 0001 | MTC-00017236
Freddiwash@ aol.com | 0001 | MTC-00007103
Frederick, Jeff | 0001 | MTC-00003571
Frederick, Keith | 0002 | MTC-00009842
Fredericks, Fred | 0002 | MTC-00015481
Fredette, Roland H. | 0001 | MTC-00030146
fredf | 0001 | MTC-00021368
Fredlawyer@ prodigy.net | 0001 | MTC-00010418
fredrik1@
zoominternet.net | 0001 | MTC-00017312
Free, Richard | 0002 | MTC-00014764
Freeberg, Carlin H. | 0001 | MTC-00025383
Freebern, Geoff | 0001 | MTC-00023281
Freeborn, Robert | 0002 | MTC-00015248
Freed, Andy | 0001 | MTC-00000833
Freed, Andy | 0002 | MTC-00004492
Freed, Daniel | 0001 | MTC-00001568
Freed, David | 0001 | MTC-00006354
Freeland, Jason | 0001 | MTC-00015406
Freeman, Brian | 0001 | MTC-00012898
Freeman, Daniel | 0001 | MTC-00001526
Freeman, David | 0001 | MTC-00004483
Freeman, David R. | 0001 | MTC-00009768
Freeman, Jennifer M. | 0001 | MTC-00027849
Freemesser, Chris | 0001 | MTC-00015905
Freidenthal, Lora | 0001 | MTC-00015887
Freigang, Michial | 0001 | MTC-00013919
Freitag, David | 0001 | MTC-00008229
Frekih, Stephen | 0001 | MTC-00030749
French, Marty | 0002 | MTC-00032151
French, Mary | 0001 | MTC-00027102
Frenette, Mathieu | 0001 | MTC-00010605
Frense, Larry | 0001 | MTC-00025455
Freund, Gabriel | 0001 | MTC-00019815
Freund, Kurt | 0002 | MTC-00026338
Freund, Robert W. | 0001 | MTC-00005241
Frey, Loretta | 0002 | MTC-00033607
Frey, Mary | 0001 | MTC-00029675
Frey, Scott | 0001 | MTC-00022074
Freydenson, Elan | 0001 | MTC-00019129
Friar, James and Ethel | 0001 | MTC-00007499
Friby, Robert and Cathy | 0001 | MTC-00028256
Frick, Richard | 0002 | MTC-00027434
Fricke, Tobin | 0003 | MTC-00026718
Fridy, Joseph M. | 0001 | MTC-00003825
Friedberg, Carl | 0001 | MTC-00003300
Friedberg, Carl | 0002 | MTC-00010318
Friedel, Vernon | 0001 | MTC-00031524
Friederich, Claudio | 0003 | MTC-00026632
Friedland, Frank | 0001 | MTC-00025503
Friedman, Benjamin | 0001 | MTC-00030522
Friedman, Brent | 0002 | MTC-00029136
Friedman, Brian | 0001 | MTC-00000862
Friedman, David | 0001 | MTC-00017143
Friedman, David | 0001 | MTC-00010952
Friedman, Frank | 0001 | MTC-00023575
Friedman, Mendel | 0001 | MTC-00031662
Friedman, Mike | 0001 | MTC-00005056
Friedman, R. J. | 0001 | MTC-00004451
Friedman, R.J. | 0001 | MTC-00001804
Friedman, Rick | 0001 | MTC-00009479
Friedman, Ron | 0001 | MTC-00026498
Friedman, Ross | 0001 | MTC-00019899
Friedman, Sage | 0001 | MTC-00027755
Friedman, Stephen | 0001 | MTC-00020150
Friedmann, Bob | 0001 | MTC-00029224
Friedrich, Robert | 0001 | MTC-00031931
Friedrich, Robin | 0001 | MTC-00016641
Friel, Justin M. | 0001 | MTC-00013345
Friend, Gil | 0002 | MTC-00027753
Friend, Gil | 0002 | MTC-00028772
Friend, Gil | 0002 | MTC-00029182
friend-rick@ ucwv.edu | 0001 | MTC-00018011
Friesen, Erich | 0001 | MTC-00019497
Friesen,Erich | 0001 | MTC-00013644
Friesner, Jeremy | 0001 | MTC-00016853
Frink, Brian | 0001 | MTC-00005599
Frink, Charles | 0001 | MTC-00023510
Frink, Jacquelyn A. | 0001 | MTC-00006986
Frisby, James | 0002 | MTC-00020160
Frisch, Karen | 0001 | MTC-00031637
Friske, Cheryl | 0001 | MTC-00031965
Fristensky, Brian | 0007 | MTC-00029424
Fritts, William | 0002 | MTC-00031314
Fritz, Stanislav | 0001 | MTC-00005322
Fritz, Todd | 0001 | MTC-00016473
Fritzinger, Scott | 0002 | MTC-00017094
Froehle, Andrew | 0001 | MTC-00025467
Fromhold-Treu, Rene | 0001 | MTC-00018414
Fronczak, Frances | 0002 | MTC-00033562
Frondorf, Juddson | 0002 | MTC-00032117
Frondort, Judson | 0002 | MTC-00032102
Frossard, David | 0003 | MTC-00004131
Frost, Ann | 0001 | MTC-00014767
Frost, Bob | 0001 | MTC-00003707
Frost, Bob | 0002 | MTC-00001459
Frost, David | 0001 | MTC-00020047
Frost, Keith | 0001 | MTC-00004217
Frost, Kenneth | 0001 | MTC-00020144
Frost, Michael | 0001 | MTC-00015862
Frost, Stephen | 0001 | MTC-00014090
Frost, Terrance | 0001 | MTC-00028991
Fry, Craig | 0001 | MTC-00001064
Fryar, Donny | 0001 | MTC-00032068
Frye, Ramsey | 0001 | MTC-00018740
Frye, Robin | 0001 | MTC-00025498
ftrax@ juno.com | 0001 | MTC-00028186
Fu, Michael | 0001 | MTC-00007278
Fucci, Ann | 0001 | MTC-00022745
Fuchs, Richard | 0002 | MTC-00025088
Fuher, Craig W. | 0001 | MTC-00031031
Fuhr, Daniel | 0001 | MTC-00015436
Fujii, Susan | 0001 | MTC-00033699
Fulcer, Dean | 0001 | MTC-00028544
Fulfer, Jon | 0001 | MTC-00009703
Fulgham, Brent | 0002 | MTC-00018447
Fuller, Billy | 0001 | MTC-00017629
Fuller, Clark | 0001 | MTC-00005306
Fuller, Jake | 0001 | MTC-00030896
Fuller, Jeffrey | 0001 | MTC-00020890
Fuller, Susan | 0001 | MTC-00008562
Fuller, Terry | 0002 | MTC-00012559
Fuller, Thomas P. | 0001 | MTC-00009868
Fullerton, R. C. | 0001 | MTC-00008684
Fullilove, Doug | 0001 | MTC-00005510
Fullmer, Boyce | 0001 | MTC-00016422
Fulton, Keith | 0001 | MTC-00000593
Fulton, Sean R. | 0001 | MTC-00016262
Fulton, Tim | 0001 | MTC-00003807
Fultz, Randall | 0001 | MTC-00010960
Furlan, Igor | 0001 | MTC-00000416
Furlong, Jim | 0001 | MTC-00008351
Furlong, Jim | 0001 | MTC-00002743
Furnish, Trevor G. | 0001 | MTC-00017862
Furnival, Bruce A. | 0001 | MTC-00000400
Furnival, Bruce A. | 0001 | MTC-00032253
Furry, Robert | 0001 | MTC-00007174
Furth, Salim | 0001 | MTC-00009817
Fusek, John | 0001 | MTC-00018045
Fusek, John | 0001 | MTC-00027003
Fusek, John | 0001 | MTC-00026993
Fuson, David | 0001 | MTC-00032679
Fussell, Michael | 0001 | MTC-00001959
fwcourington@ foxinternet.net | 0001 | MTC-00028162
Fwer, Linda G. | 0001 | MTC-00031558
fwsherman@ earthlink.net | 0001 | MTC-00017227
Fyffe, James T. | 0001 | MTC-00017514
Fyler, Cody | 0001 | MTC-00025898
Fylypowycz, Joseph | 0002 | MTC-00026701
G., Alden | 0001 | MTC-00026346
G., Mike | 0001 | MTC-00018324
Gaad, Rober tJ. | 0001 | MTC-00025908
Gabbert, Kevin | 0002 | MTC-00003614
Gabler, David | 0001 | MTC-00016405
Gablin, Yves | 0002 | MTC-00020789
Gabriel | 0001 | MTC-00002417
Gabriele, Paul | 0002 | MTC-00019487
Gach, Richard | 0001 | MTC-00031538
Gades, Burhman | 0001 | MTC-00017020
Gadient, Patrick | 0001 | MTC-00008902
Gadoury, Joseph | 0002 | MTC-00011034
Gage, Cathy | 0001 | MTC-00000565
Gage, Ronald R. | 0001 | MTC-00014934
Gagne, Mathieu | 0002 | MTC-00024075
Gagne, Stefan | 0001 | MTC-00016161
Gagon, John | 0001 | MTC-00013855
Gaines, Marcus | 0001 | MTC-00018329
Galanis, Anthony | 0002 | MTC-00004700
Galaz, Michelle | 0002 | MTC-00006471
Galbraith, Ben | 0001 | MTC-00018298
Galbraith, Brandon | 0001 | MTC-00030742
Galeano, Gus | 0003 | MTC-00025408
Galimi, James | 0001 | MTC-00023084
Galka, Larry | 0001 | MTC-00016389
Gall, Ben | 0001 | MTC-00006562
Gallaghe Jr., Francis | 0002 | MTC-00033442
Gallagher, Carl E. | 0001 | MTC-00006271
Gallagher, Jim | 0001 | MTC-00020107
Gallagher, Mark R. | 0002 | MTC-00027851
Gallagher, Sean | 0001 | MTC-00012695
Gallant, Donald W. | 0002 | MTC-00030334
Gallant, John | 0001 | MTC-00028244
Gallardo, Edgar | 0001 | MTC-00012128
Galle, Ken | 0001 | MTC-00019887
Galli, John | 0002 | MTC-00014107
Gallion, Darrell | 0001 | MTC-00015774
Gallison, Leanne | 0001 | MTC-00006545
Gallo, Francesso P. | 0001 | MTC-00008101
Galloway, Daniel | 0001 | MTC-00029935
Gallup, John | 0001 | MTC-00023483
Gallup, Maieve | 0001 | MTC-00030970
Gallus, John | 0001 | MTC-00030215
Galtuso, Steve | 0001 | MTC-00024632
GAMatthews03@ aol.com | 0001 | MTC-00004257
Gamba-Lewis, Shannon | 0001 | MTC-00021358
Gambetta, J ack | 0001 | MTC-00029580
Gambine, Gerard | 0001 | MTC-00005469
Gambino, Richard | 0002 | MTC-00029918
Gamble, Chris | 0001 | MTC-00016529
Gamble, Nigel | 0001 | MTC-00026236
Gamble@ minn.teradyne@ inetgw | 0001 | MTC-00016504
Gambrino, Ann | 0002 | MTC-00027151
Gambrino, Ann | 0001 | MTC-00029591
Gameiro, Gilles | 0002 | MTC-00013084
Gamester, Charles | 0001 | MTC-00009016
Gamsey, Helen | 0004 | MTC-00028698
Gamsey, Helen B. | 0005 | MTC-00030622
Ganesh, Chatapuram P. | 0001 | MTC-00005834
Gannon, Mark | 0001 | MTC-00004075
Gannon, Timothy | 0002 | MTC-00013404
Ganson, Mark | 0001 | MTC-00029967
Gant, Dave | 0001 | MTC-00004592
Gantos, Theo | 0001 | MTC-00024939
Ganz, Will | 0001 | MTC-00019597
Gaool, Francesco P. | 0001 | MTC-00025036
Garay, Tandy | 0001 | MTC-00030963
Garborg, Joanie | 0001 | MTC-00008385
Garborg, Keith | 0001 | MTC-00008388
Garcia, Brad | 0001 | MTC-00015134
Garcia, Christopher | 0001 | MTC-00017195
Garcia, Jeff | 0001 | MTC-00016890
Garcia, Johannes | 0001 | MTC-00029337
Garcia, Johannes | 0001 | MTC-00029351
Garcia, Oscar | 0002 | MTC-00033658
Garcia, Raul X. | 0001 | MTC-00004529
Garde | 0001 | MTC-00015446
Gardetto, Helga | 0001 | MTC-00030481
Gardner, Alan | 0001 | MTC-00024167
Gardner, Andrew | 0002 | MTC-00026308
Gardner, Dave | 0002 | MTC-00023298
gardner, David | 0001 | MTC-00019632
Gardner, Ethel | 0001 | MTC-00007636
Gardner, Ginger | 0001 | MTC-00012771
Gardner, Hugh | 0002 | MTC-00006235
Gardner, Jack | 0001 | MTC-00032023
Gardner, John H. | 0001 | MTC-00008887
Gardner, Kay | 0001 | MTC-00030968
Gardner, Leroy | 0001 | MTC-00008050
Gardner, Marvin | 0002 | MTC-00011098
Gardner, Paul | 0001 | MTC-00017472
Gardner, Priscilla | 0001 | MTC-00013104
Gardner, Richard | 0001 | MTC-00014718
Gardner, Richard | 0001 | MTC-00030104
Gardner, Robert | 0002 | MTC-00005225
Gardner, William H. | 0001 | MTC-00002069
Garella, Elena Luisa | 0001 | MTC-00005603
Garff, Jeremy | 0001 | MTC-00015923
Garfinkle, Irwin | 0001 | MTC-00024852
Gargano, Dana | 0001 | MTC-00030794
Garland, Clyde | 0001 | MTC-00032648
Garland, James T. | 0001 | MTC-00003029
Garland, Ray | 0001 | MTC-00006369
Garman, Dave | 0001 | MTC-00029174
Garner, David | 0001 | MTC-00007531
Garner, Edward | 0001 | MTC-00005938
Garnett, Pryor | 0001 | MTC-00026564
Garofalo, Raymond | 0002 | MTC-00030528
Garrett, Becky | 0001 | MTC-00028754
Garrett, Bill | 0001 | MTC-00022486
Garrett, Robert | 0001 | MTC-00020574
Garrick, Bruce | 0001 | MTC-00004296
Garrick, Bruce | 0001 | MTC-00011483
Garringer, Joe; | 0002 | MTC-00019360
Garris, Jacy O. | 0003 | MTC-00010838
Garrison, John | 0001 | MTC-00006364
Garrison, John E. | 0001 | MTC-00011824
Garrison, John Sr. | 0001 | MTC-00022943
Garson, Jesse | 0001 | MTC-00013540
Garson, Sebastian | 0001 | MTC-00032005
Garson, Thomas | 0001 | MTC-00006350
Garth, John | 0001 | MTC-00003335
Garthwaite, Don | 0001 | MTC-00016387
Gartland, Paul | 0001 | MTC-00001839
Garton-Zweber, Marian | 0001 | MTC-00029482
Garvey, Bob | 0001 | MTC-00032256
Garvey, Scott | 0001 | MTC-00031330
Gary, Dan | 0001 | MTC-00017761
Garza Marin, A. David | 0001 | MTC-00023180
Gasch, Robert | 0002 | MTC-00005000
Gascoyne, Bill | 0001 | MTC-00000167
Gashi, Phil | 0001 | MTC-00033710
Gasiarowski, Robert | 0001 | MTC-00032326
Gaspar, Kyle | 0001 | MTC-00024353
Gasparich, Jim | 0001 | MTC-00007688
Gastelum, Antonio | 0001 | MTC-00030028
Gastelyn, Antonio | 0002 | MTC-00029993
Gates, Adam | 0001 | MTC-00007839
Gates, Caton | 0001 | MTC-00014952
Gates, Michael | 0001 | MTC-00015789
Gathman, Stuart David | 0002 | MTC-00026193
Gatten, Jerry | 0001 | MTC-00030900
Gattuso, Anthony | 0001 | MTC-00031670
Gatzke, Ed | 0001 | MTC-00004977
Gaughan, Lowell | 0001 | MTC-00013857
Gaumer, Gerald | 0001 | MTC-00005850
Gaumer, Gerald | 0001 | MTC-00011672
Gauslin, Anthony | 0001 | MTC-00016289
Gauthier, Russel | 0002 | MTC-00014703
Gavens, Daniel | 0001 | MTC-00023778
Gavin, Dan | 0001 | MTC-00016180
Gaw/Ocp | 0001 | MTC-00001667
Gawlikowski, W. C. | 0001 | MTC-00025998
Gay, Peter J. | 0001 | MTC-00011415
Gaydar, Michael | 0001 | MTC-00024295
Gaynor, John | 0001 | MTC-00026326
Gayvert, David | 0001 | MTC-00007177
gbdesign@ pop-server.new.rr.com | 0001 | MTC-00011769
GC Research | 0001 | MTC-00003954
Gdog, Mike | 0002 | MTC-00013204
GDPESQ@ aol.com | 0001 | MTC-00008636
Gearman, Patrick | 0002 | MTC-00016318
Gebben, Jeremy | 0001 | MTC-00016155
gebelldabfo2aol.com | 0001 | MTC-00024773
Gebhardet, Kip | 0001 | MTC-00022921
Gebhardt, Christopher | 0002 | MTC-00002240
Gecius, Jens | 0002 | MTC-00030708
Gee, Aaron | 0002 | MTC-00022627
Gee, Bruce | 0002 | MTC-00026608
Gee, Chris | 0001 | MTC-00018730
Geffen, David | 0001 | MTC-00015982
Gehl, John N. | 0001 | MTC-00026037
Gehlot, Rzui | 0001 | MTC-00001001
Gehman, Warren R. | 0001 | MTC-00007409
Gehrig, Mich | 0001 | MTC-00012919
Geier, Fritz | 0001 | MTC-00017340
Geil, Dan | 0001 | MTC-00025248
Geisinger, Nile | 0001 | MTC-00022911
Geisler, Heather | 0001 | MTC-00031682
Gelfand, Martin | 0001 | MTC-00017198
Gelfond, gregory | 0001 | MTC-00024376
Gelin, Jack | 0002 | MTC-00028303
Geller, Josh | 0001 | MTC-00002338
Gempf, Conrad | 0002 | MTC-00004399
Gendreau, Philip and Barbara | 0001 | MTC-00007184
Gennari, Monique | 0002 | MTC-00020077
Genoff, Steve | 0001 | MTC-00017972
Gensler, Thomas and Karen | 0001 | MTC-00009010
Genung, Mark | 0002 | MTC-00005293
Genzel, Richard | 0001 | MTC-00020598
Geoffreyesoteric@ 3times25.net | 0002 | MTC-00018020
Geoffroy, Eric | 0001 | MTC-00001248
geojenner@ aol.com | 0001 | MTC-00028061
Georgakis, James A. | 0001 | MTC-00007619
George, Clarence | 0002 | MTC-00033593
George, Eric | 0002 | MTC-00027793
George, Eric | 0001 | MTC-00018118
George, Jonathan | 0001 | MTC-00019047
George, Mark | 0001 | MTC-00015506
George, Nancy | 0001 | MTC-00007026
George, Sam | 0001 | MTC-00005644
George, Tom and Naomi | 0001 | MTC-00019220
George, Vernon | 0001 | MTC-00030245
Georges, Neville | 0001 | MTC-00031722
Gerard, Gregory | 0001 | MTC-00028389
Gerbarg, Louis | 0001 | MTC-00018579
Gerber, Bernard | 0001 | MTC-00029969
Gerber, Jerrey | 0001 | MTC-00030145
Gerber, Matt | 0001 | MTC-00022405
Gergen, James | 0001 | MTC-00013380
Gerhardson, Gabriel | 0001 | MTC-00015836
Gerhardstein, Joe | 0003 | MTC-00013449
Gerhardt, Robert A. | 0002 | MTC-00028094
Gerhart, Tom | 0001 | MTC-00025871
Gerig, Gregory | 0003 | MTC-00012515
Gerkman, Joe | 0001 | MTC-00000046
German, Rz | 0001 | MTC-00004181
Germans, Jacques | 0001 | MTC-00033719
Gersema, Duke | 0001 | MTC-00009918
Gersting, Judith | 0001 | MTC-00009374
Gertry, Dean | 0001 | MTC-00031523
Gerwitz, Hans | 0001 | MTC-00001772
Geske, Brent | 0001 | MTC-00018520
Gessel, David | 0002 | MTC-00003878
Gessel, David | 0001 | MTC-00020207
Gessing, Paul | 0001 | MTC-00022536
Gessner, Matthew | 0002 | MTC-00016082
Gestwicki, Paul | 0001 | MTC-00016972
Getter, Michael | 0002 | MTC-00005016
Geyer, Ben | 0001 | MTC-00001763
gfullert@ hotmail.com | 0001 | MTC-00014560
GG | 0001 | MTC-00005867
ggullas1@ nycap.rr.com | 0001 | MTC-00028105
Ghalamkan, Kamen | 0001 | MTC-00031574
Ghani, Bazil | 0001 | MTC-00009969
Ghasn, George G. | 0001 | MTC-00025228
Ghenic, Carol A. | 0002 | MTC-00025920
Ghioni, Kristie | 0001 | MTC-00029144
Ghose, Amitar | 0001 | MTC-00030379
Ghosh, Sid | 0001 | MTC-00008419
Giacchi, James | 0001 | MTC-00019230
Giachino, Renee | 0003 | MTC-00030234
Giampaolo, Dominic | 0001 | MTC-00016557
Giannoni, Marc | 0001 | MTC-00016750
Gibbons, Fred | 0002 | MTC-00002792
Gibbs, Darren | 0001 | MTC-00012914
Gibbs, Doug | 0001 | MTC-00016879
Gibbs, J. L. | 0001 | MTC-00011002
Gibbs, Manton | 0001 | MTC-00008680
Gibbs, Michael | 0002 | MTC-00026395
Gibbs, Noah | 0002 | MTC-00019475
Gibbs, Wesley | 0001 | MTC-00004176
Gibian, Terence | 0002 | MTC-00003718
Giblertson-White, Joel | 0001 | MTC-00016567
Gibson, Doc | 0002 | MTC-00005915
Gibson, Jason | 0001 | MTC-00015616
Gibson, Jason | 0001 | MTC-00015746
Gibson, John | 0001 | MTC-00002936
GIbson, John | 0002 | MTC-00026933
Gibson, Joseph | 0001 | MTC-00016491
Gibson, Kathleen | 0002 | MTC-00012930
Gibson, Linda | 0001 | MTC-00021143
Gibson, Robert | 0001 | MTC-00006415
Gibson, Susan | 0001 | MTC-00010828
Gibson, Warren | 0001 | MTC-00003573
Gies, Dennis | 0001 | MTC-00003315
Gifford, Carey | 0001 | MTC-00027837
Gigas, Gunter | 0001 | MTC-00007803
Giger, Matt | 0001 | MTC-00016128
Giglio, Jason | 0002 | MTC-00015182
Giglio, Virginia | 0001 | MTC-00031960
Gignac, Dennis | 0001 | MTC-00008727
gihuey@ hotmail.com | 0001 | MTC-00025212
gijosh4507@ mac.com | 0001 | MTC-00025384
Gil | 0001 | MTC-00032745
Gilbert, Barbara Smith | 0001 | MTC-00022515
Gilbert, Jason | 0001 | MTC-00021887
Gilbert, Jeremy | 0001 | MTC-00015491
Gilbert, John | 0001 | MTC-00013866
Gilbert, John | 0001 | MTC-00031513
Gilbert, John D. | 0001 | MTC-00002407
Gilbert, John D. | 0001 | MTC-00032126
Gilbert, Norm | 0001 | MTC-00014292
Gilbert, Stephen | 0001 | MTC-00018495
Gilbert, Steve | 0001 | MTC-00012853
Gilberti, Agnes | 0001 | MTC-00007238
Gilboa, Nir | 0001 | MTC-00000614
Gilchrist, John | 0001 | MTC-00022557
Giles, Bear | 0002 | MTC-00017759
Giles, Tommy | 0001 | MTC-00015034
Gill, Adrian | 0001 | MTC-00025414
Gill, David | 0001 | MTC-00022817
Gill, Joseph | 0002 | MTC-00003601
Gill, Michael | 0001 | MTC-00019650
Gill, Sam | 0002 | MTC-00014276
Gillaspie, Don | 0001 | MTC-00018903
Gillespie | 0001 | MTC-00032735
Gillespie, George | 0001 | MTC-00011489
Gillespie, James | 0001 | MTC-00031115
Gillespie, Peter | 0001 | MTC-00000636
Gillespie, Peter | 0001 | MTC-00018770
Gillette, brad | 0001 | MTC-00020420
Gillette, Graham | 0002 | MTC-00028817
Gilliam, Harris L. | 0002 | MTC-00010695
Gillings, Jeff | 0001 | MTC-00011950
Gillmann, Richard | 0001 | MTC-00002442
Gillmann, Richard | 0001 | MTC-00009682
Gilman, David | 0001 | MTC-00025156
Gilman, David J. | 0001 | MTC-00006449
Gilman, Imad | 0001 | MTC-00018000
Gilmore, Douglas | 0001 | MTC-00006223
Gilmore, Gil | 0001 | MTC-00019276
Gilmore, Jeff | 0001 | MTC-00014918
Gilmore, Kenneth | 0001 | MTC-00000338
Gilstrap, John | 0001 | MTC-00030527
Gilstrees@ aol.com | 0001 | MTC-00028187
Gilvary, Joseph | 0001 | MTC-00027605
Gilvary, Susan | 0001 | MTC-00028992
Gimple, Warren E. | 0001 | MTC-00002399
Gindi, Alee | 0002 | MTC-00026588
Ginellini, Dan | 0001 | MTC-00023684
Ginsberg, Joshua Adam | 0002 | MTC-00009898
Giordano, Khouri | 0002 | MTC-00024874
Giorgino, Michael S. | 0001 | MTC-00030465
Giosso, Theresa | 0002 | MTC-00031937
gip4yall@ aol.com | 0001 | MTC-00028609
Giroux, Richard | 0002 | MTC-00018436
Girt, John | 0001 | MTC-00009765
Girton, Dan | 0001 | MTC-00021121
Gish, William D. | 0001 | MTC-00008118
Gisleson, Mark | 0001 | MTC-00026739
Giubbini, Joseph and Janette | 0001 | MTC-00006813
Giunta, Joe | 0001 | MTC-00007942
Givens, Denny | 0001 | MTC-00015605
Givens, Gregg | 0005 | MTC-00003195
Gjersee, Liz | 0001 | MTC-00006232
Gjorde, Tom | 0001 | MTC-00031550
Gladstone, Bruce | 0001 | MTC-00005304
Gladstone, Philip | 0001 | MTC-00016431
Glahn, John | 0001 | MTC-00023248
Glandorf, Joseph | 0001 | MTC-00012893
Glaney, Malcolm | 0001 | MTC-00003563
Glanmark, Richard | 0001 | MTC-00014966
Glascock, Tom | 0001 | MTC-00000447
Glascock, Tom | 0001 | MTC-00003674
Glaseman, George C. | 0001 | MTC-00006904
Glaser, Larry | 0001 | MTC-00005964
Glass, Adam | 0001 | MTC-00024048
Glass, Brett | 0003 | MTC-00011441
Glass, Terry | 0001 | MTC-00008930
Glasscock, Joe | 0001 | MTC-00020076
Glassman, Donald | 0001 | MTC-00031657
Glatz, Walter | 0002 | MTC-00033457
Glavey, Paul | 0001 | MTC-00030792
Glazer, Jason | 0001 | MTC-00004742
Gleason, Tom | 0001 | MTC-00013640
Gledhill, Joesph | 0001 | MTC-00024367
Glenday, George | 0001 | MTC-00031758
Glenn, Doug | 0002 | MTC-00003559
Glenn, Douglas N. | 0004 | MTC-00023338
Glenn, James | 0001 | MTC-00009872
Glenn, Mary | 0001 | MTC-00013970
Glenn, Robert A. | 0001 | MTC-00028440
Glenn, Scott | 0001 | MTC-00019616
Glenn, Walter | 0001 | MTC-00006079
GLHGLHGLH@ aol.com | 0001 | MTC-00019550
Glibbe, Roger | 0002 | MTC-00001507
Glick, Ned | 0001 | MTC-00004327
Glickman, Amir | 0001 | MTC-00032004
Glickman, Eileen Jack | 0001 | MTC-00014803
Glidewell, James | 0001 | MTC-00019545
Glik, Michael | 0001 | MTC-00022972
Glines, William C. | 0001 | MTC-00023481
Glover, Robert | 0001 | MTC-00003856
Glover, William | 0001 | MTC-00025735
glsswrks@ gallatinriver.net | 0001 | MTC-00010936
Glutting, JP | 0002 | MTC-00032118
Glynn, Scott | 0001 | MTC-00029942
GMBAH | 0001 | MTC-00006348
gmckibbin@ leerlp.com | 0001 | MTC-00012743
gneeko@ capital.net | 0001 | MTC-00010401
GNI Commerce, Inc. | 0001 | MTC-00021090
Gniazdowski, Steven | 0001 | MTC-00008816
Goates, Robert R. | 0001 | MTC-00023267
Goben, John | 0001 | MTC-00020558
Gockley, Brian | 0001 | MTC-00026681
Godbey, David | 0001 | MTC-00013634
Godbold, Cash | 0001 | MTC-00026609
Goddard, Craig | 0001 | MTC-00007385
Godfree, Nathanna | 0002 | MTC-00030635
Godfrey, Bill | 0001 | MTC-00013543
Godfrey, Bob; Murphy, Chris; et. al. | 0003 | MTC-00022698
Godino, Thomas P. | 0001 | MTC-00029710
Godoy, Jorge | 0001 | MTC-00029954
Godoy, Jorge | 0001 | MTC-00006936
Goeke, Kevin | 0001 | MTC-00000846
Goelst, Mac | 0001 | MTC-00006177
Goeltz, William | 0001 | MTC-00020593
Goertzen, Stephen | 0001 | MTC-00002398
Goethe, Paul | 0001 | MTC-00011643
Goetz, Tad C. | 0002 | MTC-00025165
Goff, Bert | 0001 | MTC-00027368
Goff, Jeffrey | 0001 | MTC-00017512
Goff, Ken | 0002 | MTC-00001866
Goff, Ken | 0002 | MTC-00004649
Goff, Samuel | 0004 | MTC-00010604
Goguey, Pascal | 0002 | MTC-00027627
Gohar, Lawrence | 0002 | MTC-00016887
Golba, Tim | 0001 | MTC-00029944
Golchale, Vin | 0001 | MTC-00025288
Gold, Craig W. | 0001 | MTC-00003912
Gold, Criag W. | 0001 | MTC-00003914
Gold, Eric | 0001 | MTC-00016869
Goldband, Fernat | 0001 | MTC-00031822
Goldberg, Alan | 0001 | MTC-00006761
Goldberg, Andrew | 0001 | MTC-00011017
Goldberg, Andrew | 0001 | MTC-00011376
Goldberg, Gary | 0002 | MTC-00018485
Goldbernberg, Ken | 0001 | MTC-00017187
Golden, Steve | 0002 | MTC-00010248
Golden, Steven | 0001 | MTC-00031003
Goldengatehats@ cs.com | 0001 | MTC-00016017
Goldfinger, Alex | 0001 | MTC-00023072
Goldman, Herrick | 0001 | MTC-00018839
Goldsby, Steve | 0001 | MTC-00015079
Goldschmidt, David | 0001 | MTC-00029074
Goldsmith, Dana | 0001 | MTC-00010946
Goldstein, Adam | 0001 | MTC-00017545
Goldstein, Henriette | 0001 | MTC-00007035
Goldstein, Larry Joel | 0001 | MTC-00030891
Goldstein, Mark | 0001 | MTC-00029720
Goldthurp, Peter | 0001 | MTC-00028299
Golightly, Scott | 0001 | MTC-00021830
Gollum, Brian | 0002 | MTC-00027818
Golowich, Steve | 0001 | MTC-00027372
Golubic, Vince F. | 0002 | MTC-00027894
Goluch, Jim A. | 0002 | MTC-00010720
Goluguri, Jaya Bharath | 0001 | MTC-00029809
Gomez, Robert | 0001 | MTC-00016530
Gong, Carolyn | 0001 | MTC-00006872
Gonyou, Austin | 0001 | MTC-00029102
Gonzales, Jeanette | 0001 | MTC-00027991
Gonzalez, Carlos | 0002 | MTC-00017786
Gonzalez, Carlos | 0001 | MTC-00033709
Gonze, Lucas | 0001 | MTC-00015855
Good, James | 0001 | MTC-00008660
Goodale, Mark | 0001 | MTC-00000685
Goode, Margaret | 0001 | MTC-00031708
Goodejohn, Michael L. | 0001 | MTC-00007284
Gooding, Rodney | 0001 | MTC-00024526
Goodman, Mike | 0001 | MTC-00004569
Goodman, Steve | 0001 | MTC-00031044
Goodman, Wilbur | 0002 | MTC-00027278
Goodnough, John | 0001 | MTC-00025606
Goodrich, Edward | 0001 | MTC-00027888
Goodrich, Leo T. | 0001 | MTC-00029705
Goodrich, Steven | 0001 | MTC-00005790
Goodwin, Ben | 0001 | MTC-00005800
Goodwin, Jana Marie | 0001 | MTC-00028845
Goodwin, Wilbur | 0001 | MTC-00008834
Goodyear, Douglas | 0001 | MTC-00024818
Goodyear, Trevor | 0001 | MTC-00019383
Gooley, Kathy | 0001 | MTC-00011637
Gopalakrishnan, R. | 0002 | MTC-00019593
Goppold, Michael S. | 0001 | MTC-00010845
Gorbett, Shawn P. | 0002 | MTC-00015472
Gorden, Casey | 0002 | MTC-00018195
Gordhamer, Donald | 0001 | MTC-00019427
Gordley, Rich | 0001 | MTC-00015442
Gordon, Bill | 0001 | MTC-00017454
Gordon, Bob | 0001 | MTC-00027643
Gordon, Dave | 0002 | MTC-00013105
Gordon, Eugene | 0001 | MTC-00007380
Gordon, Jay | 0001 | MTC-00022037
Gordon, Tom | 0001 | MTC-00010523
GORDYmac2k | 0001 | MTC-00013541
Gore, Richard | 0001 | MTC-00002577
Goren, Ben | 0001 | MTC-00016834
Gorman, David | 0001 | MTC-00014711
Gorman, John | 0001 | MTC-00031007
Gorman, S | 0001 | MTC-00030179
Gorman, Thomas | 0001 | MTC-00022944
Gormar, Klaus | 0001 | MTC-00023263
Gorski, Mike | 0001 | MTC-00030980
Gorski, Tim | 0001 | MTC-00005124
Gorton, Richard | 0001 | MTC-00024741
Gorton, Sam | 0001 | MTC-00016763
Goscha, Daniel | 0001 | MTC-00015776
Gosewehr, Roy | 0001 | MTC-00001228
Gosnell, Chris | 0002 | MTC-00024368
Gosser, Gregory M. | 0001 | MTC-00014467
Gossett, Joel | 0001 | MTC-00010968
gotip@ earthlink.net | 0001 | MTC-00011327
Gotshall, Gayle | 0001 | MTC-00029186
Gotshall, ron | 0001 | MTC-00024354
Gott, Graeme | 0001 | MTC-00009866
Gottlieb, Jim | 0002 | MTC-00020363
Gottlieb, Ophir | 0001 | MTC-00018785
Gottlieb, Steven M. | 0001 | MTC-00000391
Gottshalk, Tom | 0002 | MTC-00001631
Gouge, Deborah | 0002 | MTC-00029368
Gough, Valient | 0002 | MTC-00004939
Gould, Scott | 0001 | MTC-00009947
Gould, Stand | 0001 | MTC-00001441
Goulet, Maurice and Patter, Betsey | 0002 | MTC-00031361
Gound, Scottie | 0001 | MTC-00006230
Gounris, Anna | 0001 | MTC-00031767
Gous, Andre | 0003 | MTC-00007085
Govern, Michael | 0001 | MTC-00005121
Gow, Ed | 0001 | MTC-00014045
Goyal, Anuj | 0001 | MTC-00012847
Goyen, Beverly | 0001 | MTC-00030009
Gozrulak, Larry | 0002 | MTC-00022039
gpnash@ yahoo.com | 0001 | MTC-00004020
Graba, Lee | 0001 | MTC-00019514
Graber, Jeffrey | 0001 | MTC-00005427
Graber, Jeffrey | 0001 | MTC-00008604
Graber, Jeffrey C. | 0001 | MTC-00003941
Graber, Jeffrey C. | 0001 | MTC-00012538
Graber, Jeffrey C. | 0001 | MTC-00025992
Grabowski, Paul | 0002 | MTC-00025917
Grabowsky, Robert | 0002 | MTC-00014963
Grace Becher | 0001 | MTC-00019704
Grace, Ray | 0001 | MTC-00030461
Gracey, Louie | 0001 | MTC-00025905
Gracie, Michael | 0002 | MTC-00031984
Gradick, Craig | 0001 | MTC-00009046
Gradowski, Jim | 0001 | MTC-00030061
Gradt, Myron | 0001 | MTC-00007992
Gradwohl, Greg | 0001 | MTC-00003622
Grady, Thomas | 0001 | MTC-00020578
Grady, Tim | 0001 | MTC-00008639
Graeber, Paul | 0001 | MTC-00007671
Graehl, Jonathan | 0003 | MTC-00018155
Graessle, Mike | 0001 | MTC-00021606
Graff, Benjamin | 0001 | MTC-00022432
Graff, Kathy A. | 0001 | MTC-00018467
Graham, Bill | 0001 | MTC-00017101
Graham, Charles | 0003 | MTC-00025236
Graham, Christopher J. | 0001 | MTC-00004540
Graham, David A. | 0001 | MTC-00033703
Graham, Emerson H. | 0001 | MTC-00008225
Graham, Farrell | 0001 | MTC-00032059
Graham, Kathie | 0001 | MTC-00031809
Graham, Ken | 0006 | MTC-00024875
Graham, Ken | 0001 | MTC-00029939
Graham, Marv | 0003 | MTC-00013293
Graham, Marv | 0002 | MTC-00014143
Graham, Matt | 0001 | MTC-00015741
Graham, Mike | 0001 | MTC-00018815
Graham, Mike | 0002 | MTC-00023950
Graham, Milford | 0001 | MTC-00011176
Graham, Saundra | 0001 | MTC-00029394
Graham, Tom M. | 0001 | MTC-00007396
Gramlich, Joshua | 0001 | MTC-00013417
Grammer, Lydia | 0001 | MTC-00030973
Gramze, Catherine | 0001 | MTC-00000724
Granadosih, Stephen | 0002 | MTC-00025556
Grandy, Gary & Elizabeth | 0001 | MTC-00008137
Granek, Josh | 0002 | MTC-00023985
Graner, Guy | 0003 | MTC-00025729
Granfield, MIke | 0001 | MTC-00031653
Granger, Bruce T. | 0001 | MTC-00028728
Granger, Greg | 0001 | MTC-00002197
Granger, Greg | 0001 | MTC-00004441
Granoff, Howard W. | 0001 | MTC-00025925
Granston, Don | 0001 | MTC-00009854
Grant, Calvin | 0001 | MTC-00020405
Grant, Corey | 0001 | MTC-00019626
Grant, Daniel Hicky | 0002 | MTC-00030515
Grant, Jonathan | 0001 | MTC-00020487
Grant, Marianne | 0001 | MTC-00029235
Grant, Rob | 0001 | MTC-00006482
Grant, Shawn | 0001 | MTC-00017076
Grant-Mitchell, Patrice | 0001 | MTC-00022776
Grapes, Phil | 0001 | MTC-00017746
Graphic, Dexter | 0001 | MTC-00017641
Graser, David | 0001 | MTC-00017858
Grasmick, Bob | 0002 | MTC-00033652
Grassi, Edward | 0001 | MTC-00031508
Grassman, Brent | 0001 | MTC-00018787
Grasso, Christopher A. | 0001 | MTC-00002443
Gration, Dorothy | 0002 | MTC-00029590
Gratz, W.W. (Bill) | 0001 | MTC-00031321
Gratzl, Max | 0001 | MTC-00009243
Graube, Maris | 0001 | MTC-00031199
Grauman, Joyce | 0001 | MTC-00006949
Grauman, Walter E. | 0001 | MTC-00007255
Grave, Brian | 0001 | MTC-00011178
Graves, Herb | 0001 | MTC-00009171
Graves, James R. | 0002 | MTC-00029968
Graves, Jon A. | 0002 | MTC-00029570
Graves, Lawrence | 0002 | MTC-00004683
Graves, Ron | 0001 | MTC-00031028
Graves, Ron | 0001 | MTC-00007854
Gravitt, Bennie | 0002 | MTC-00023922
Gravitt, Bennie | 0002 | MTC-00033403
Gravlin, Tim | 0001 | MTC-00003018
Gray, Andrew | 0001 | MTC-00015030
Gray, David R. | 0001 | MTC-00028314
Gray, Douglas | 0001 | MTC-00027499
Gray, Eugene D. | 0001 | MTC-00025946
Gray, Kevin L. | 0001 | MTC-00013577
Gray, Lyons | 0001 | MTC-00031347
Gray, Mark | 0001 | MTC-00016131
Gray, Nathaniel | 0002 | MTC-00025234
Gray, Peter | 0001 | MTC-00001431
Gray, Richard | 0001 | MTC-00031310
Grayson, Ashley | 0001 | MTC-00026961
Grayson, Donald | 0001 | MTC-00015456
Grayson, Tom | 0001 | MTC-00008901
Greatbach, Paul | 0002 | MTC-00013367
Greathouse, Robb | 0001 | MTC-00016345
Greathouse, Scott | 0002 | MTC-00004219
Greaves, Pamela | 0001 | MTC-00026416
Greco, Carmine | 0001 | MTC-00016218
Greco, Richard | 0001 | MTC-00007362
Green Jack | 0001 | MTC-00019581
Green, Gayle | 0002 | MTC-00010625
Green, Gayle | 0002 | MTC-00025240
Green, Herbert L. | 0001 | MTC-00002580
Green, Ida Vitula | 0001 | MTC-00005101
Green, James | 0002 | MTC-00018384
Green, Jason | 0001 | MTC-00015296
Green, Jill | 0001 | MTC-00029857
Green, Jill | 0001 | MTC-00030053
Green, Margaret | 0002 | MTC-00014059
Green, Michael | 0001 | MTC-00030714
Green, Sam | 0001 | MTC-00008889
Green, Stephen | 0001 | MTC-00022279
Green, Steve | 0001 | MTC-00027613
Green, Terry | 0001 | MTC-00006209
Green, Wes | 0001 | MTC-00005977
Greenbalt, David | 0001 | MTC-00022489
Greenberg, Albert S. | 0001 | MTC-00006541
Greenberg, David S. | 0001 | MTC-00018921
Greenberg, Jeff I. | 0002 | MTC-00002050
Greenberg, Michael | 0001 | MTC-00017465
Greenberry, Curtis E. | 0001 | MTC-00030129
Greene, Brad | 0001 | MTC-00013914
Greene, David | 0002 | MTC-00018452
Greene, Jason | 0001 | MTC-00016898
Greene, Jeffrey | 0001 | MTC-00015964
Greene, Jim | 0001 | MTC-00008136
Greene, Kasi | 0002 | MTC-00019809
Greene, Lawrence | 0002 | MTC-00033628
Greene, Mark | 0001 | MTC-00018313
Greene, Michael | 0001 | MTC-00006372
Greene, Robert | 0001 | MTC-00030991
Greenfield, Brock L. | 0001 | MTC-00030072
Greenfield, Jay | 0001 | MTC-00008852
Greenfield, Jeff | 0001 | MTC-00015688
Greenwood, Andy | 0001 | MTC-00008679
Greenwood, David | 0002 | MTC-00033466
Greenwood, Fred | 0002 | MTC-00033464
Greenwood, Jason | 0001 | MTC-00004061
Greer, Henry A. | 0001 | MTC-00016367
Greer, phil | 0001 | MTC-00017140
Greers, Chris | 0001 | MTC-00001392
Greg | 0001 | MTC-00006831
greg@ wtg.usdoj.gov | 0001 | MTC-00019038
Gregan, Chris | 0002 | MTC-00018843
Gregg, Arnold | 0001 | MTC-00000389
Gregg, Bob | 0001 | MTC-00011370
Gregg, Guy R. | 0002 | MTC-00030232
Gregg, Kenneth S. | 0001 | MTC-00031088
Gregoire, Christine | 0002 | MTC-00030279
Gregoire, Robert | 0001 | MTC-00008477
Gregory, Aline | 0001 | MTC-00028930
Gregory, Brian | 0001 | MTC-00028019
Gregory, Chris | 0001 | MTC-00029831
Gregory, Forrest | 0001 | MTC-00029865
Gregory, Kathie | 0001 | MTC-00021884
Gregory, Mark | 0001 | MTC-00001081
Gregory, Shad | 0001 | MTC-00015645
gregury@ ns.areasecure.com | 0001 | MTC-00002007
Grehan, Yvonne | 0001 | MTC-00011456
Grehan, Yvonne | 0001 | MTC-00022828
Greig, Ted | 0001 | MTC-00022839
Greika, Christan J. | 0001 | MTC-00021563
Grein, John | 0002 | MTC-00033427
gRELLON, mICHAEL g. | 0001 | MTC-00025283
Gretzinger, Wendy G. | 0002 | MTC-00014364
Grey, Spencer | 0001 | MTC-00010672
Gridley, John | 0001 | MTC-00011646
Griesbach, Bryan | 0001 | MTC-00012079
Griesman, Michael | 0002 | MTC-00029419
Griest, Richard | 0003 | MTC-00028010
Grieve, Edward | 0001 | MTC-00033732
Grieve, Jim | 0001 | MTC-00006802
Griffin, Andrew | 0001 | MTC-00020023
Griffin, Charles | 0001 | MTC-00031465
Griffin, Chris | 0001 | MTC-00004378
Griffin, David | 0001 | MTC-00003201
Griffin, Francis | 0001 | MTC-00019367
Griffin, Frank | 0001 | MTC-00005746
Griffin, Jeanne | 0002 | MTC-00028655
Griffin, John | 0001 | MTC-00021139
Griffis, Jesse | 0001 | MTC-00015292
Griffis, Tom | 0002 | MTC-00009813
Grigg, Ted | 0002 | MTC-00002093
Grigor, Gordon | 0001 | MTC-00026659
Grimes, Joel | 0001 | MTC-00016724
Grimes, Mark | 0001 | MTC-00018522
Grimj1234@ aol.com | 0001 | MTC-00000340
Grimm, Brian | 0001 | MTC-00012113
Grimm, Ryan | 0003 | MTC-00010194
Grimm, Steven | 0001 | MTC-00018049
Grimsbo, Ben | 0001 | MTC-00002310
Grimsley, Kathie | 0002 | MTC-00005289
Grinaway, Kathy | 0001 | MTC-00031935
Grinbergs, Doug | 0001 | MTC-00027890
Griscti, Jane | 0001 | MTC-00010833
Grisham, Andrew F. | 0001 | MTC-00014386
Grisham, Andrew F. | 0001 | MTC-00014389
Grist, Graham | 0001 | MTC-00005071
Griswold, Jeremiah | 0001 | MTC-00003727
Griswold, Richard | 0003 | MTC-00019395
Grittings, Jeffrey | 0001 | MTC-00030889
Grizzle, Jan | 0001 | MTC-00025529
Grizzle, John | 0002 | MTC-00004345
Grizzle, John | 0001 | MTC-00013479
Grm, Daniel | 0001 | MTC-00020053
Grob, Werner | 0001 | MTC-00005873
Grockowski, Jason | 0003 | MTC-00026202
Groebe, Larry | 0001 | MTC-00024211
Grogan, Dave | 0001 | MTC-00016649
Gromet, Gary | 0001 | MTC-00005618
Gronewald, hal | 0001 | MTC-00005268
Groombridge, Kenton | 0001 | MTC-00002597
Groover, Joseph D. Jr. | 0001 | MTC-00009097
Grose, Alan | 0001 | MTC-00008560
Grosinger, Leslie D. | 0001 | MTC-00005958
Grossen, Cynthia | 0001 | MTC-00011332
Grossklas, William | 0001 | MTC-00000873
Grossklas, William | 0001 | MTC-00005512
Grossman, Mark | 0001 | MTC-00005178
Grossmann, M. W. | 0001 | MTC-00015053
Grott, Fred | 0001 | MTC-00010666
Groundwater, Stephen | 0001 | MTC-00018239
Grover, Alan | 0002 | MTC-00016059
Grover, Dale | 0001 | MTC-00022701
Grover, Subhash | 0001 | MTC-00011505
Grow, Carolyn | 0001 | MTC-00005860
Grozdits, Greogry G. | 0002 | MTC-00015908
Grubb, John | 0002 | MTC-00007821
Grubb, MArc | 0001 | MTC-00024463
Grubbs, Pete | 0001 | MTC-00020735
Grube, Michael J. | 0001 | MTC-00002536
Gruber, Brad | 0001 | MTC-00025107
Gruber, Theodore and Shelley | 0001 | MTC-00005630
Gruen, Jim | 0001 | MTC-00015338
Gruetzner, James K. | 0001 | MTC-00027281
Gruickshanks, Graham | 0002 | MTC-00015002
Grumbles, Marcus | 0001 | MTC-00011179
Grummitt, Janet L. | 0001 | MTC-00006987
Grummt, Otto | 0001 | MTC-00026679
Grunloh, Robert | 0001 | MTC-00019087
Gryczan, Kevin | 0001 | MTC-00004481
Gryffydd, A. | 0001 | MTC-00023312
Grzanich, Will | 0002 | MTC-00017469
Guallar Esteve, Josef | 0002 | MTC-00033332
Guallar, Esteve | 0002 | MTC-00023792
Guarnaci, Craig | 0001 | MTC-00008790
Guarnieri, Donald | 0001 | MTC-00026491
Gubitosi, Henry | 0001 | MTC-00030485
Gubul, Pete | 0001 | MTC-00015339
Gucati, Anil (neil) | 0001 | MTC-00001603
Guch, Richard | 0001 | MTC-00031531
Gudhein, Samantha | 0001 | MTC-00030491
Guenard, Bruce | 0001 | MTC-00028496
Guenther, Glen | 0002 | MTC-00021826
Guerin, Justin | 0001 | MTC-00018427
Guerrico, Lou | 0001 | MTC-00002918
Gueslick, Ben | 0001 | MTC-00027327
Guest, Charles | 0001 | MTC-00009811
Guildner, Charles W. | 0001 | MTC-00030621
Guilford, Vernon | 0001 | MTC-00024756
Guillory, Michael S. | 0001 | MTC-00011613
Guilos, David | 0001 | MTC-00031243
Gulow, Craig | 0001 | MTC-00017745
Gulyas, Steve | 0001 | MTC-00002623
Gundersen, George | 0001 | MTC-00009035
Gunsallus, Kirk | 0001 | MTC-00004439
Gupta, Piyush | 0001 | MTC-00025495
Gupta, Sudeep | 0001 | MTC-00027260
Gupta, Swapan | 0001 | MTC-00029318
Gupta, Vijay Brian | 0002 | MTC-00017380
Gurby, Tony | 0001 | MTC-00030396
Gurley, Bill | 0001 | MTC-00003669
Gurmankin | 0003 | MTC-00030374
guru242@ attbi.com | 0001 | MTC-00017242
Gusman, James | 0001 | MTC-00006856
Guss, John | 0001 | MTC-00020871
Gustafson, David | 0001 | MTC-00017764
Gustavus, duane | 0001 | MTC-00015483
Guthrie, Gordon | 0001 | MTC-00017452
Guthrie, John | 0001 | MTC-00021859
Guthrie, Stuart | 0001 | MTC-00003992
Gutierrez, Ignnacio | 0001 | MTC-00001446
Guttman, Uri | 0002 | MTC-00019914
Gutwin, Paul | 0001 | MTC-00016062
Guy, Brendan | 0001 | MTC-00005382
Guy, Charles | 0002 | MTC-00004101
guy, William A. | 0001 | MTC-00009459
Guym Kimberly | 0001 | MTC-00031449
Guzman, Octavio | 0001 | MTC-00013474
Gwenzig, Edward W. | 0002 | MTC-00031108
Gwiardowski, James E. | 0001 | MTC-00006033
Gwozdz, Tom | 0001 | MTC-00027375
GWS | 0001 | MTC-00010621
h S | 0001 | MTC-00005720
H&S Hose and Supply | 0001 | MTC-00031158
H, Dick | 0001 | MTC-00008872
Haab, Frederick | 0001 | MTC-00015069
Haag, Michael | 0001 | MTC-00005061
haag, Michael | 0001 | MTC-00022558
Haapala, Clay | 0001 | MTC-00026291
Haas, Andrew | 0004 | MTC-00017549
Haas, David | 0001 | MTC-00016317
Haas, Neil | 0001 | MTC-00006359
Haas, Rodney | 0001 | MTC-00007630
Haas, Walt | 0001 | MTC-00008456
Habacker, Ron | 0001 | MTC-00001944
Habas, Robert | 0001 | MTC-00028926
Habas, Robert | 0001 | MTC-00028938
Haber, Alice | 0001 | MTC-00032030
Habib, Zohra | 0001 | MTC-00027268
Hach, Faraz | 0001 | MTC-00011066
Hach, George | 0002 | MTC-00025672
Hack, Warren | 0002 | MTC-00001168
Hacke, Robert | 0001 | MTC-00010070
Hackett, Bill | 0001 | MTC-00025359
Hackett, Earl | 0001 | MTC-00006081
Hackett, Edward W. | 0001 | MTC-00007857
Haddad, Jonathan | 0001 | MTC-00012926
Haddock, Nick | 0002 | MTC-00002615
Hadgell, Joel | 0002 | MTC-00028994
Hadley, Chris | 0001 | MTC-00016558
Hadley, Todd | 0001 | MTC-00018051
Hadrick, Richard | 0001 | MTC-00027351
Haertjens, Michael | 0001 | MTC-00014947
Hafermalz, Eberhand | 0003 | MTC-00032415
Haffner, Matt | 0001 | MTC-00018196
Hagan, Craig, I. | 0002 | MTC-00019092
Hagan, N. | 0001 | MTC-00008564
Hagberg, D. J. | 0002 | MTC-00018394
Hagel, Andrew | 0001 | MTC-00028334
Hageman, Judy | 0001 | MTC-00014445
Hagen, Andrew | 0001 | MTC-00020101
Hagen, Bruce | 0001 | MTC-00005134
Hagen, Edward | 0001 | MTC-00016604
Hagerman, Alan | 0001 | MTC-00013994
Hagerty, Ed | 0001 | MTC-00017513
Haggerty, Michael | 0001 | MTC-00022098
Hagopian, Rob | 0001 | MTC-00015411
Hahn, Beth | 0002 | MTC-00004759
Hahn, James | 0001 | MTC-00029642
Hahn, Ralph | 0001 | MTC-00008972
Hahn, Robert E. | 0001 | MTC-00025753
Hahn, Thomas | 0001 | MTC-00027892
Hahn, William | 0001 | MTC-00007041
Hahn, William | 0001 | MTC-00026264
Haight, Richard C. | 0001 | MTC-00001555
Haile, Jed | 0002 | MTC-00001887
Haile, Jed | 0002 | MTC-00004494
Hailey, Bob | 0001 | MTC-00031463
Hails, John | 0001 | MTC-00002152
Haines, Raymond | 0001 | MTC-00021244
Haisley, Michael | 0001 | MTC-00004485
Haji-Sheikh, Mike | 0001 | MTC-00004849
Hakala, Jack | 0001 | MTC-00002385
Hal | 0001 | MTC-00013079
Hale, Brad | 0001 | MTC-00022404
Hale, Douglas | 0001 | MTC-00008134
Hale, Edward | 0001 | MTC-00031309
Hale, Gary | 0001 | MTC-00018312
Hale, Harry W. | 0001 | MTC-00003099
Hale, M. | 0001 | MTC-00001327
Hale, Michael | 0001 | MTC-00006311
Hale, Randy | 0001 | MTC-00025018
Haleblian, Albert | 0002 | MTC-00027618
Hales, Rod and Barbara | 0001 | MTC-00007770
Haley, John | 0001 | MTC-00020206
Halfrop, Roger | 0001 | MTC-00020836
Haliburton, Jim | 0002 | MTC-00004142
Hall, Aaron | 0002 | MTC-00017942
Hall, Annette | 0002 | MTC-00004344
Hall, Ben | 0001 | MTC-00024744
Hall, Bill | 0001 | MTC-00014302
Hall, Brad | 0001 | MTC-00017483
Hall, Chris | 0001 | MTC-00006953
Hall, Connie | 0001 | MTC-00024060
Hall, Don | 0001 | MTC-00011698
Hall, H. William | 0001 | MTC-00005730
Hall, HArold | 0003 | MTC-00029310
Hall, James | 0001 | MTC-00029784
Hall, Jim | 0001 | MTC-00010680
Hall, John | 0001 | MTC-00017145
Hall, Justin | 0001 | MTC-00015375
Hall, Logan | 0001 | MTC-00022896
Hall, Mike | 0001 | MTC-00009741
Hall, Morgan | 0002 | MTC-00017352
Hall, Phil | 0002 | MTC-00009643
Hall, Preston | 0001 | MTC-00004132
Hall, Scott | 0001 | MTC-00000424
Hall, William C. | 0001 | MTC-00031433
Halland, Irving W. | 0001 | MTC-00004839
Hallen, Roland | 0001 | MTC-00005077
Haller, Ben | 0001 | MTC-00019423
Hallis, Tom | 0001 | MTC-00005261
Hallmark, Steve | 0002 | MTC-00030110
Halloran, Robert | 0004 | MTC-00030675
Hallowell, David | 0002 | MTC-00018231
Hallum, Jr., Frank | 0001 | MTC-00020869
Halmrast, Ted | 0001 | MTC-00017516
Halpert, Richard | 0002 | MTC-00016910
Halsey, Roger | 0001 | MTC-00018062
Halstead, Patrick | 0001 | MTC-00007168
Hamachek, Donald | 0002 | MTC-00029369
Hamady, Chris | 0001 | MTC-00001549
Hamady, Christopher M. | 0002 | MTC-00014614
Hamann, Franz | 0001 | MTC-00003051
Hamannhome@ aol.com | 0001 | MTC-00013597
Hamblin, Mark | 0001 | MTC-00011590
Hamby, Dixon | 0001 | MTC-00000101
Hamby, Rogan | 0002 | MTC-00015359
Hamid, Aaron | 0002 | MTC-00016097
Hamil, Brandon, J. | 0002 | MTC-00031448
Hamilton, Bruce | 0001 | MTC-00019907
Hamilton, Chris | 0001 | MTC-00016706
Hamilton, Dennis E. | 0002 | MTC-00018207
Hamilton, Eileen | 0002 | MTC-00018175
Hamilton, Gerald | 0001 | MTC-00006423
Hamilton, Randy | 0002 | MTC-00019312
Hamilton, Richard | 0001 | MTC-00002460
Hamilton, Richard | 0001 | MTC-00013614
Hamilton, Wilson | 0001 | MTC-00008832
Hamlin, Brian M. | 0001 | MTC-00014645
Hamlow, Jonathan | 0002 | MTC-00016739
Hamlow, Jonathan M. | 0002 | MTC-00004100
Hamm, David | 0001 | MTC-00005160
Hammack, Thomas E. | 0001 | MTC-00000308
Hammargen, Craig | 0002 | MTC-00033490
Hammel, William C. | 0002 | MTC-00003116
Hammell, Thomas | 0001 | MTC-00018914
Hammer, Mark | 0002 | MTC-00017637
Hammerslag, Jake | 0001 | MTC-00005825
Hammill, Joyce and John | 0001 | MTC-00028402
Hammock, Curtiss | 0001 | MTC-00020813
Hammond, Chris | 0001 | MTC-00002754
Hammond, Greg | 0001 | MTC-00001523
Hammond, James | 0001 | MTC-00015787
Hammond, Martha and Edward | 0001 | MTC-00007231
Hammond, Matt | 0002 | MTC-00020365
Hammond, Nancy | 0001 | MTC-00011152
Hammond, Rob and Shirley | 0001 | MTC-00032900
Hamon, Blain | 0002 | MTC-00009442
Hample, Dale | 0002 | MTC-00025223
Hampton, Bob | 0001 | MTC-00000753
Hampton, Mike | 0001 | MTC-00021844
Han, Xve - Ling | 0001 | MTC-00005939
Hanamoto, Jean | 0001 | MTC-00026716
Hanckey, Randy | 0001 | MTC-00008466
Hancock, Robert | 0002 | MTC-00002326
Hancock, Robert | 0001 | MTC-00002329
Hancock, Robert | 0001 | MTC-00002332
Hancock, Theresa | 0001 | MTC-00007814
Handy, Dale | 0001 | MTC-00016311
Handy, Greg | 0002 | MTC-00000563
Handy, Lynn | 0001 | MTC-00009692
Handy, Redmond | 0002 | MTC-00026914
Hanegan, Joan | 0001 | MTC-00000295
Haner, Milton and Judy | 0002 | MTC-00019458
Haney, Paul | 0001 | MTC-00013483
Hanke, Jim | 0002 | MTC-00006339
Hankel, Rod | 0001 | MTC-00001271
Hankerson, John | 0001 | MTC-00007790
Hanks, Francie | 0001 | MTC-00011676
Hanley, Dave | 0001 | MTC-00021995
Hanley, Doug | 0001 | MTC-00001227
Hanlon, Joseph | 0001 | MTC-00030713
Hanlon, Steven | 0001 | MTC-00023748
Hanna, Cris | 0001 | MTC-00000023
Hanna, Jeff | 0001 | MTC-00020874
Hannan, John J. | 0001 | MTC-00026479
Hannig, Charles M. | 0001 | MTC-00031401
Hannon, Benjamin | 0001 | MTC-00019214
Hannum, Dion G. | 0001 | MTC-00005080
Hans, Maria | 0001 | MTC-00010571
Hans, Peter | 0001 | MTC-00031464
Hansard, Will | 0001 | MTC-00019893
Hanse, Richard | 0001 | MTC-00030955
Hansell, Carol | 0001 | MTC-00027864
Hansen, Barb | 0001 | MTC-00013076
Hansen, Brian | 0001 | MTC-00001699
Hansen, Chris | 0001 | MTC-00019930
Hansen, Cindy | 0001 | MTC-00008630
Hansen, Jack | 0001 | MTC-00011680
Hansen, Joel | 0001 | MTC-00005375
Hansen, Joseph J. | 0001 | MTC-00023696
Hansen, Joshua | 0002 | MTC-00004891
Hansen, Leo | 0001 | MTC-00011912
Hansen, Logan | 0002 | MTC-00017572
Hansen, Niki | 0001 | MTC-00023213
Hansen, Randall | 0001 | MTC-00016694
Hansen, Richard | 0001 | MTC-00023024
Hansen, Rick | 0002 | MTC-00032032
Hansen, Rick | 0001 | MTC-00002849
Hansen, Steve | 0002 | MTC-00004170
Hansen, Susan M. | 0001 | MTC-00026665
Hansford, Larry | 0001 | MTC-00002823
Hanshan, Karen | 0001 | MTC-00024808
Hanshaw | 0001 | MTC-00029910
Hanson, Bethany | 0001 | MTC-00029068
Hanson, Bob | 0001 | MTC-00011390
Hanson, Brian | 0001 | MTC-00000303
Hanson, Carl | 0001 | MTC-00005935
Hanson, Chris | 0002 | MTC-00027658
Hanson, Chris | 0001 | MTC-00017980
Hanson, Dolores | 0001 | MTC-00028860
Hanson, Greg | 0001 | MTC-00016818
Hanson, Judith | 0001 | MTC-00003219
Hanson, Pamela & Robert | 0001 | MTC-00013051
Hanson, Peter | 0001 | MTC-00004558
Hanson, Peter | 0001 | MTC-00007050
Hanson, Phil | 0001 | MTC-00030073
Hapeshis, Louis | 0001 | MTC-00007191
harbarridg1@ msn.com | 0001 | MTC-00021401
Harbert, Joe | 0001 | MTC-00019132
Harby, J. | 0001 | MTC-00007584
Harden, Patrick | 0001 | MTC-00007354
Harder, R. Rusty | 0002 | MTC-00031345
Hardesty, George R. | 0001 | MTC-00006298
Hardesty, Ron | 0002 | MTC-00029543
Hardin, John | 0003 | MTC-00004270
Hardin, John | 0002 | MTC-00030677
Harding, Bob | 0001 | MTC-00013430
Hardman, Dennis | 0001 | MTC-00005699
Hardman, Nancy | 0001 | MTC-00030449
Hardwick, John | 0001 | MTC-00017743
Hardwicke, William A. | 0001 | MTC-00006066
Hardy, bob | 0001 | MTC-00017345
Hardy, Clark | 0001 | MTC-00012535
Harerland, Gordon | 0001 | MTC-00026063
Harey, Ken | 0001 | MTC-00029576
Hargreaves, Eddie | 0001 | MTC-00001231
Harich, Alan B. | 0002 | MTC-00016297
Harif, Shlomi | 0001 | MTC-00005054
Harikian, Don | 0002 | MTC-00005927
Hariuns, Jeanne | 0001 | MTC-00008371
Harkey, Tom | 0002 | MTC-00028501
Harkins, John | 0001 | MTC-00019872
Harkness, Bob | 0001 | MTC-00009071
Harkness, Howard Lee | 0001 | MTC-00015560
Harland, John | 0001 | MTC-00031085
Harleson, Peter J. | 0001 | MTC-00017015
Harley, Joshua P. | 0001 | MTC-00015161
Harley, Robert B. | 0002 | MTC-00031212
Harlick, John | 0001 | MTC-00032508
Harmatz, Gary | 0001 | MTC-00007315
Harmening, Mary | 0001 | MTC-00005709
Harmon, Dale | 0002 | MTC-00021023
Harms, Reed | 0001 | MTC-00022351
Harnaman, John and JoAnn | 0001 | MTC-00030123
Harness, Joyce | 0001 | MTC-00005926
Harness, Joyce | 0001 | MTC-00000640
Harness, Joyce | 0001 | MTC-00011486
Harness, Toby | 0001 | MTC-00018887
Harnett, Geoffrey | 0003 | MTC-00015061
Harpaz, Alon | 0001 | MTC-00017531
Harpen, Walter | 0001 | MTC-00015956
Harper, Bob | 0001 | MTC-00008341
Harper, Dan | 0001 | MTC-00026731
Harper, Donald | 0001 | MTC-00016338
Harper, Douglas | 0001 | MTC-00030629
Harper, Frank | 0001 | MTC-00003790
Harper, Logan | 0001 | MTC-00004542
Harper, Tim | 0001 | MTC-00026700
Harper, Tim | 0001 | MTC-00026698
harperj@ att.net | 0001 | MTC-00006256
Harpold, Lisa | 0001 | MTC-00013843
Harpster, Ron and Mary Ellen | 0001 | MTC-00027040
Harr, David S. | 0001 | MTC-00018223
Harr, Jim | 0001 | MTC-00009551
Harre, Sean | 0001 | MTC-00018934
Harrell, Betty | 0001 | MTC-00026051
Harrell, Robert W. Jr. | 0002 | MTC-00031408
Harrell, Wesley | 0001 | MTC-00010293
Harrelson, Terry | 0001 | MTC-00031477
Harrie-Bick, Tony | 0001 | MTC-00003474
Harrigan, Calvin | 0001 | MTC-00022599
Harrington, Clayton | 0001 | MTC-00006243
Harrington, Clayton | 0001 | MTC-00011958
Harrington, Daniel | 0001 | MTC-00019151
Harrington, Demetri | 0001 | MTC-00026057
Harrington, Edward | 0001 | MTC-00014486
Harrington, Michael O. | 0002 | MTC-00033696
Harrington, Mike | 0001 | MTC-00000361
Harris, Burty | 0002 | MTC-00028293
Harris, C. W. | 0001 | MTC-00018537
Harris, charles | 0002 | MTC-00031066
Harris, David | 0001 | MTC-00015626
Harris, Dodd IV | 0001 | MTC-00024802
Harris, Gene | 0001 | MTC-00000356
Harris, Gerald | 0002 | MTC-00014933
Harris, Harlas M. | 0001 | MTC-00007529
Harris, Jed | 0001 | MTC-00016275
Harris, Jerry | 0001 | MTC-00007783
Harris, Joel | 0001 | MTC-00000831
Harris, Katherine | 0001 | MTC-00031493
Harris, Robin | 0001 | MTC-00033801
Harris, Ruth | 0001 | MTC-00010552
Harris, Scott | 0001 | MTC-00018128
Harris, Wes | 0001 | MTC-00005847
Harrison, Arlene F. | 0001 | MTC-00014381
Harrison, Christopher F. | 0001 | MTC-00011205
Harrison, Edward | 0001 | MTC-00014472
Harrison, James Morgan | 0002 | MTC-00018311
Harrison, Jason S. | 0001 | MTC-00010866
Harrison, Jeffrey | 0001 | MTC-00026345
Harrison, Joseph | 0001 | MTC-00005637
Harrison, Ken | 0001 | MTC-00004365
Harrison, Marsha | 0001 | MTC-00020527
Harrison, Marshall C. | 0001 | MTC-00031048
Harrison, Michael | 0002 | MTC-00003451
Harrison, Nancy | 0001 | MTC-00000857
Harrison, Paul | 0001 | MTC-00021964
Harrison, Robert W. | 0001 | MTC-00004064
Harrison, Sam | 0001 | MTC-00017141
Harrison, Scott | 0002 | MTC-00001508
Harrison, Scott | 0002 | MTC-00006204
Harrocks, David | 0001 | MTC-00025522
Harrold, M. Bradley | 0001 | MTC-00030213
Harrold, Mike | 0002 | MTC-00027130
Hart, Delbert | 0001 | MTC-00027426
Hart, J.C. | 0001 | MTC-00011755
Hart, Joe | 0001 | MTC-00010983
Hart, Joseph | 0001 | MTC-00008030
Hart, Julia | 0001 | MTC-00022096
Hart, William James | 0001 | MTC-00025508
Harter, George | 0001 | MTC-00031800
Harter, Tod | 0002 | MTC-00017209
Hartig, Gerald | 0001 | MTC-00019951
Hartlet, Mark | 0001 | MTC-00010405
Hartley Jr., James M. | 0001 | MTC-00015441
Hartley, Jonathan | 0001 | MTC-00017627
Hartley, Jonathan | 0001 | MTC-00031934
Hartley, randy | 0001 | MTC-00010717
Hartley, Robert | 0001 | MTC-00017491
Hartline, Frederick | 0002 | MTC-00023629
Hartman, Ethan | 0001 | MTC-00016370
Hartman, Michael | 0001 | MTC-00003288
Hartman, Thomas R. | 0001 | MTC-00014585
Hartsook, Ruth | 0001 | MTC-00007277
Hartwell, Jon | 0001 | MTC-00015056
Hartwick, Betty R. | 0001 | MTC-00025023
Hartwig, Peter | 0002 | MTC-00014287
Hartzell, Barton L. | 0001 | MTC-00011598
Hartzell, Bruce | 0001 | MTC-00002731
Hartzler, Peter | 0001 | MTC-00014962
Harvey, Brandon | 0001 | MTC-00024890
Harvey, James N. | 0001 | MTC-00032039
Harvey, Jeff | 0003 | MTC-00020806
Harvey, Jeff | 0003 | MTC-00020748
Harvey, Joseph | 0001 | MTC-00030030
Harvey, Tobe | 0001 | MTC-00013462
Harvey, Van | 0001 | MTC-00026825
Harwood, Tom | 0002 | MTC-00004780
Hasan, Richard | 0001 | MTC-00019924
Hasenjager, Mark | 0001 | MTC-00014154
Hashimoto, Kengo | 0003 | MTC-00004541
Haskins, Jonathan | 0001 | MTC-00016007
Haslan, David | 0002 | MTC-00031596
Hasman, Glenn | 0002 | MTC-00029694
Hassan, Jim | 0001 | MTC-00009015
Hasselbacher, Kyle | 0001 | MTC-00016976
Hasselius, Chud | 0001 | MTC-00026114
Hassenstein, Peter | 0001 | MTC-00022950
Hassinger, Jim | 0002 | MTC-00001538
Hassinger, Jim | 0001 | MTC-00024838
Hassinger, Sebastian | 0001 | MTC-00015302
Hassinger, William | 0001 | MTC-00019446
Hastings, Barbara | 0001 | MTC-00025428
Hastings, Robert J. | 0001 | MTC-00001017
Hatami, Ali | 0001 | MTC-00007798
Hatch, Charles | 0001 | MTC-00030786
Hatcher, Clarence | 0001 | MTC-00009672
Hatcher, Kelly | 0001 | MTC-00016075
Hatfield Chamber of Commerce | 0001 | MTC-00028711
Hathaway, Richard | 0002 | MTC-00033604
Hattenhauer, Bill | 0001 | MTC-00027540
Hatton, Alexander | 0001 | MTC-00015563
Hatton, Robert | 0001 | MTC-00016962
Hattorp, Lorin | 0001 | MTC-00019617
Hauan, Michael J. | 0001 | MTC-00003630
Hauan, Michael, J. | 0001 | MTC-00019086
Haubein, Ted | 0002 | MTC-00013318
Hauck, Daniel | 0002 | MTC-00015521
Haucke, Mike | 0001 | MTC-00007068
Hauffe, Konard | 0001 | MTC-00033720
Haug, Donald R. | 0001 | MTC-00007400
Haugh, J. | 0001 | MTC-00026145
Hauman, Glenn | 0001 | MTC-00024057
Haun, Daniel | 0001 | MTC-00026958
Hauptman, Bryce | 0001 | MTC-00015347
Haus, Robert J. | 0002 | MTC-00029962
Hausman, Gunther | 0001 | MTC-00030618
Hausman, Robert | 0001 | MTC-00005420
Hauswirth, Sudi Bloom and Dennis | 0001 | MTC-00008573
Haven, Cynthia | 0002 | MTC-00028988
Haven, Richard | 0001 | MTC-00004805
Haverkamp, Brenda | 0001 | MTC-00023113
Haviland, Thomas | 0001 | MTC-00004513
Havlicek, Mark | 0001 | MTC-00030867
Havlicek, Mark Alan | 0001 | MTC-00030860
Hawe, Bill | 0001 | MTC-00018789
Hawes, Marcia S. | 0003 | MTC-00020974
Hawkes, John | 0004 | MTC-00017116
Hawkins, Alwin | 0001 | MTC-00017650
Hawkins, Bradley | 0001 | MTC-00015799
Hawkins, Dale | 0001 | MTC-00016560
Hawkins, Gordon C. | 0002 | MTC-00001566
Hawkins, Wendy | 0001 | MTC-00027949
Hawley, Addison | 0001 | MTC-00007143
Hawley, Darin | 0001 | MTC-00019754
Hawley, Glen | 0001 | MTC-00013715
Hawley, James | 0001 | MTC-00006366
Hawley@ aol.com | 0001 | MTC-00005562
Hawn, John | 0001 | MTC-00025980
Haworth, David | 0001 | MTC-00002712
Hawthorne, Candance | 0001 | MTC-00027771
Hay, Bill | 0002 | MTC-00016523
Hayashi, Takaaki | 0001 | MTC-00011351
Hayden, Arnold | 0001 | MTC-00015634
Hayden, Brian | 0002 | MTC-00000486
Hayes, Dave | 0001 | MTC-00016603
Hayes, Dennis | 0001 | MTC-00018638
Hayes, Maggie | 0002 | MTC-00029308
Hayes, Patrick | 0002 | MTC-00022435
Hayes, Paul | 0001 | MTC-00024718
Hayes, Peggy | 0001 | MTC-00031676
Hayes, Tom | 0002 | MTC-00028436
Hayhurst, Steve | 0001 | MTC-00000321
Hayman, Stuart | 0001 | MTC-00007080
Haynes, Kristen | 0001 | MTC-00031423
Haynes, Michelle | 0002 | MTC-00010502
Haynes, Stephen | 0001 | MTC-00020567
Hays, Bobby | 0001 | MTC-00001797
Hays, Curt | 0001 | MTC-00013110
Hays, Gary N. | 0001 | MTC-00009502
Hays, Mary Lou | 0001 | MTC-00030953
Hays, Thomas | 0001 | MTC-00016181
Hays, Tim | 0001 | MTC-00012876
Hayslette, Stephen C. | 0001 | MTC-00017727
Hayslip, Craig | 0001 | MTC-00019105
Hayward, Brian | 0001 | MTC-00014977
Hayward, Julie | 0001 | MTC-00031184
Hayworth, Richard | 0001 | MTC-00012596
Hazelton, Anne | 0001 | MTC-00007708
Hazelton, Hans | 0001 | MTC-00024339
Hazen, James A. and Leona C | 0001 | MTC-00006046
HC62545 | 0001 | MTC-00023459
hd74amf2 | 0001 | MTC-00011652
hdevore | 0001 | MTC-00021399
HDubrow@ aol.com | 0001 | MTC-00006625
He, Hao | 0001 | MTC-00011050
Head, Rita R. | 0001 | MTC-00022038
Heald, Frederick | 0001 | MTC-00019958
Healey, Martin L. | 0001 | MTC-00009007
Healey, Paul | 0001 | MTC-00004068
Heaney, Mark | 0001 | MTC-00029612
Heaney, Steve | 0001 | MTC-00012783
Hearth, Nadine | 0001 | MTC-00029592
Hearth, Richard | 0001 | MTC-00029594
Heasley, John | 0002 | MTC-00022571
Heath, Bob | 0002 | MTC-00012602
Heath, Jared | 0002 | MTC-00003298
Heath, Jeremy | 0001 | MTC-00024097
Heath, Mike | 0001 | MTC-00016647
Heath, Taliver | 0001 | MTC-00015303
Heath, Victoria | 0001 | MTC-00010511
Heaton, Garry | 0001 | MTC-00000146
Heaton, Stephen | 0001 | MTC-00011952
Hebdon, James | 0001 | MTC-00001235
Hebert, Robert | 0002 | MTC-00023258
Hechler, Charlene | 0002 | MTC-00033639
Heck, Gregory | 0001 | MTC-00001219
Heck, Joseph | 0001 | MTC-00009812
Heckel, Evan | 0001 | MTC-00005170
Hecker, Alan | 0002 | MTC-00016522
Hecker, Jeff | 0003 | MTC-00026810
Hecker, Richard | 0002 | MTC-00004488
Hedal, Bob | 0001 | MTC-00014280
Hedberg, Chris | 0001 | MTC-00004826
Hedger, David | 0001 | MTC-00010254
Heeger, Jack | 0001 | MTC-00007297
Heffernan, Edward | 0001 | MTC-00030478
Hefferon, Jim | 0001 | MTC-00003881
Heffner, Max | 0001 | MTC-00022264
Heffner, Robert | 0001 | MTC-00007641
Hegeman, Daniel | 0001 | MTC-00031359
Hegenbart, Joe | 0001 | MTC-00009591
Heidar, Helgi | 0001 | MTC-00008380
Heidkamp, Seth | 0001 | MTC-00015831
Heidler, Frank E., Sr. | 0001 | MTC-00009593
Heiho, Frank | 0001 | MTC-00025884
Heikamp, N. | 0001 | MTC-00018101
Heileman, Diana | 0001 | MTC-00027821
Heilman, Virginia | 0001 | MTC-00009394
Heimberger, Kari | 0002 | MTC-00027983
Heimbinder, Verna | 0001 | MTC-00013545
Hein, Laurie Snow | 0001 | MTC-00009004
Hein, Paul and Gail | 0001 | MTC-00016151
Heine, John | 0001 | MTC-00028925
Heinen, Dave | 0001 | MTC-00018851
Heinfeldt, David | 0002 | MTC-00014210
Heininger, Jeffrey | 0001 | MTC-00032029
Heinis, Brian | 0001 | MTC-00014297
Heinkel, Linda | 0001 | MTC-00005929
Heins, Eric | 0001 | MTC-00019942
Heins, Jill M. | 0001 | MTC-00009891
Heinzen, Matt | 0002 | MTC-00016576
Heinzman, Jack | 0001 | MTC-00032024
Heischberg, Melissa | 0001 | MTC-00017860
Heiselt, Canon | 0001 | MTC-00022827
Heiserman, Blair | 0002 | MTC-00021785
Hejtmanelk, Milan | 0001 | MTC-00015694
Hejza, Leo | 0001 | MTC-00017883
Hekkert, Carl | 0001 | MTC-00028832
Helbig, Earl and Ruth | 0001 | MTC-00008167
Held, John | 0001 | MTC-00031638
Held, John | 0001 | MTC-00031603
Heleniak, Stan | 0001 | MTC-00007875
Heleniak, Stan | 0001 | MTC-00007873
Helfer, Alistair | 0001 | MTC-00019959
Helgeson, Donald | 0002 | MTC-00033517
Helin, Aki | 0001 | MTC-00014905
Heller, Agnes | 0001 | MTC-00011073
Heller, Brian | 0002 | MTC-00013874
Heller, Gary | 0002 | MTC-00021658
Heller, Robert | 0002 | MTC-00015434
Helling, Bonnie | 0001 | MTC-00006655
Hellman, Sid | 0002 | MTC-00016950
Helman, Oded | 0001 | MTC-00019090
Helmer, Guy | 0002 | MTC-00015853
Helmer, Rob | 0001 | MTC-00014820
Helmholdt, Thomas D. | 0002 | MTC-00000179
Helmich, Sandra | 0001 | MTC-00029260
Helmke, George | 0001 | MTC-00023932
Helms, John | 0002 | MTC-00016349
Helms, R.G. | 0002 | MTC-00009597
Helsel, Donald J. | 0001 | MTC-00005672
Helsley, Matthew | 0001 | MTC-00019215
Heltzel, Dennis | 0001 | MTC-00015840
Hemati, Russell | 0002 | MTC-00017539
Hembrock, Mary M | 0001 | MTC-00031136
Hemler, David | 0001 | MTC-00007702
Hemler, Laura | 0001 | MTC-00005577
Hemment, Scott | 0001 | MTC-00024870
Hemmer, Tom | 0001 | MTC-00026324
Hemmer, Tom | 0001 | MTC-00005325
Hemond, Michael | 0002 | MTC-00029418
Henderson, Aaron | 0002 | MTC-00020258
Henderson, Jack | 0001 | MTC-00011763
Henderson, Kathleen | 0002 | MTC-00031947
Henderson, Lisa | 0002 | MTC-00023967
Henderson, Peter | 0001 | MTC-00018761
Henderson, Steven | 0001 | MTC-00008609
Henderson, Todd | 0002 | MTC-00025154
Henderson-Rubio, Melvin | 0001 | MTC-00008392
Hendrick, Ty | 0001 | MTC-00016671
Hendricks, David | 0001 | MTC-00007121
Hendricks, Rodger | 0002 | MTC-00025269
Hendrickson, Chris | 0004 | MTC-00016642
Hendrickson, John D. | 0002 | MTC-00004055
Hendrickson, Marlene | 0001 | MTC-00008539
Hendrix, Giles | 0001 | MTC-00022696
henk@ snapper.sonerplaza.nl | 0001 | MTC-00010715
Henley, Joe | 0001 | MTC-00015729
Henley, Joe | 0001 | MTC-00000758
Henn, Thomas J. | 0001 | MTC-00006715
Hennes, Bruce | 0001 | MTC-00030356
Hennigen, Emily and Elmer | 0001 | MTC-00025402
Hennign, David | 0001 | MTC-00017153
Henrici, Christoph | 0001 | MTC-00014996
Henrickson, C. Thomas | 0001 | MTC-00031357
Henriksen, Jason | 0001 | MTC-00017376
Henry, David | 0001 | MTC-00011090
Henry, Joseph | 0001 | MTC-00004368
Henry, Mary | 0002 | MTC-00010673
Henry, Stephen | 0002 | MTC-00002633
Henry, Wes | 0003 | MTC-00017878
Henshaw, Fran | 0001 | MTC-00030531
Henshaw, Glen | 0002 | MTC-00015801
Hensley, John | 0001 | MTC-00031337
Hentges, Al J. | 0001 | MTC-00006928
Hepner, Ed | 0001 | MTC-00006582
Heppell, Nadine | 0001 | MTC-00006413
Hepperle, Don | 0001 | MTC-00009273
herb-nancy@ worldnet.att.net | 0001 | MTC-00016021
Herber, John | 0001 | MTC-00013591
Herbert, Gary | 0001 | MTC-00008365
herbholm@ aol.com | 0001 | MTC-00017314
Herbig, Nigel | 0001 | MTC-00017496
Herbst, Daniel | 0002 | MTC-00026881
Herbst, Mike | 0001 | MTC-00004511
Herbst, Mike | 0001 | MTC-00000135
Heredia, Geoff | 0001 | MTC-00014246
Herke, Mark | 0001 | MTC-00006205
Herman, Allan | 0001 | MTC-00013567
Herman, Bill | 0001 | MTC-00027069
Herman, Lawrence | 0001 | MTC-00026125
Herman, Leonard | 0002 | MTC-00003179
Herman, Pan | 0001 | MTC-00013532
Hermann, Zarren | 0001 | MTC-00013643
Hermes, John | 0002 | MTC-00003839
Hernandez, Emile | 0001 | MTC-00005552
Hernandez, Mark | 0002 | MTC-00017632
Hernandez, Rose M. | 0001 | MTC-00006007
Herndon, Jack | 0001 | MTC-00018725
Herndon, John | 0001 | MTC-00018703
Heroldra@ juno.com | 0001 | MTC-00006559
Herr Steve and Kathleen | 0001 | MTC-00022484
Herr, Jerry | 0001 | MTC-00006521
Herrboldt, Kevin | 0001 | MTC-00022431
Herrell, Richard | 0002 | MTC-00019790
Herrice, Nancy | 0001 | MTC-00000512
Herrick, Matt | 0004 | MTC-00011526
Herrman, Les | 0001 | MTC-00005946
Herrmann, Andrew F. | 0002 | MTC-00001191
Herrmann, Jim | 0001 | MTC-00018873
Hershberger, David | 0002 | MTC-00004536
Hershberger, Doug | 0001 | MTC-00019442
Herstel, Andrew J. | 0001 | MTC-00027028
Hertel, Christopher R. | 0003 | MTC-00026010
Hertless, Harry | 0001 | MTC-00011403
Hertzfeld, John | 0001 | MTC-00007311
Hertzog, Bill | 0001 | MTC-00018837
Hertzsch, Sean | 0002 | MTC-00016427
Heruold, Kiesan | 0001 | MTC-00017754
Herzfeld, John | 0001 | MTC-00022361
Herzog, Paul | 0002 | MTC-00014903
Hess, James | 0001 | MTC-00018425
Hesse, Allan J. | 0001 | MTC-00029614
Hessman, Mark | 0002 | MTC-00015913
Hester, Mark | 0001 | MTC-00005882
Hester, Todd | 0002 | MTC-00014255
Hetrick, Brian | 0001 | MTC-00017575
Hetrick, Donald | 0001 | MTC-00005203
Heugly, Dee L. | 0002 | MTC-00030094
Hewitt, Brian | 0001 | MTC-00029588
Hewitt, Paul | 0002 | MTC-00001240
Hewlett, Thomas | 0001 | MTC-00013465
Hewson, Alex | 0001 | MTC-00020447
Heyman, Jerry | 0002 | MTC-00015612
Heymann, Ralph | 0001 | MTC-00005084
Heymann, William | 0002 | MTC-00014867
Heywood, Dustin | 0001 | MTC-00020241
Hgen, John | 0002 | MTC-00028514
Hi There | 0001 | MTC-00006231
Hiatt, Blake W. | 0001 | MTC-00013748
Hiatt, Lyn | 0001 | MTC-00025726
Hickey, Kenneth | 0001 | MTC-00009653
Hickey, Matt | 0001 | MTC-00011708
Hickey, Michael | 0003 | MTC-00009780
Hickey, William and Joyce | 0001 | MTC-00007025
Hicks, Art | 0001 | MTC-00006386
Hicks, David | 0001 | MTC-00008646
Hicks, Mike | 0005 | MTC-00003436
Hicks, Richard | 0001 | MTC-00012616
Hicks, Robert | 0001 | MTC-00000253
Hicks, Thomas | 0001 | MTC-00019909
Hieberg, Darren | 0001 | MTC-00001310
Hiebert, Dan | 0001 | MTC-00019013
Higdon, Jerry | 0001 | MTC-00023927
Higdon, Jerry | 0001 | MTC-00033401
Higgins, Brian | 0001 | MTC-00004409
Higgins, John J. | 0001 | MTC-00006013
Higgins, Ronnie | 0003 | MTC-00028814
Highberg, John D. | 0001 | MTC-00002137
Hightower, John | 0002 | MTC-00002947
Hihn, Jason | 0001 | MTC-00003832
Hilal, George | 0002 | MTC-00025899
Hilburn, Jerry | 0003 | MTC-00030337
Hildebrand, Leland | 0002 | MTC-00029210
Hildebrandt, Barb | 0003 | MTC-00013153
Hilden, Joseph | 0001 | MTC-00005254
Hilditch, Steve | 0001 | MTC-00025353
Hilgart, Art | 0002 | MTC-00010804
Hilgendorf, J. A. | 0001 | MTC-00005981
Hilker, John | 0001 | MTC-00004535
Hill rexford | 0001 | MTC-00017974
Hill, Alex | 0001 | MTC-00025650
Hill, Andrew W. | 0001 | MTC-00004715
Hill, Benjamin N. | 0001 | MTC-00015653
Hill, Bobby | 0001 | MTC-00010012
Hill, Chuck | 0002 | MTC-00003509
Hill, Curtis T. | 0001 | MTC-00009118
Hill, Dave | 0001 | MTC-00002315
Hill, Dave C. | 0004 | MTC-00010171
Hill, Dave C. | 0005 | MTC-00001007
Hill, David | 0001 | MTC-00010786
Hill, David C. | 0002 | MTC-00004729
Hill, David C. | 0002 | MTC-00023407
Hill, David R. | 0001 | MTC-00011957
Hill, David W. | 0001 | MTC-00009893
Hill, Edward H. | 0003 | MTC-00030725
Hill, Eric | 0003 | MTC-00019763
Hill, Erik | 0001 | MTC-00014860
Hill, Faith A. | 0001 | MTC-00027971
Hill, Gary | 0002 | MTC-00027876
Hill, Glenda | 0001 | MTC-00008647
Hill, Gorden | 0001 | MTC-00005991
Hill, Ingrid | 0001 | MTC-00010135
Hill, J. charles | 0001 | MTC-00020824
Hill, Jeffrey | 0001 | MTC-00013906
Hill, Jerald | 0001 | MTC-00005074
Hill, Jim | 0001 | MTC-00000278
Hill, Jon | 0001 | MTC-00014152
Hill, Jonathan | 0001 | MTC-00011381
Hill, Loretta | 0001 | MTC-00031967
Hill, Mike | 0002 | MTC-00003406
Hill, Mr. and Mrs. Richard F. | 0001 | MTC-00009121
Hill, Peter | 0001 | MTC-00027882
Hill, Randal | 0001 | MTC-00030999
Hill, Randall | 0001 | MTC-00030986
Hill, Richard | 0001 | MTC-00006959
Hill, Sam | 0002 | MTC-00015012
Hill, Stephen P. | 0001 | MTC-00018578
Hill, Steve | 0001 | MTC-00027967
Hill, Thomas | 0001 | MTC-00010316
Hill, William | 0001 | MTC-00017528
Hill, Win | 0001 | MTC-00015008
Hillegass, Jim | 0001 | MTC-00000190
Hillemann, Craig | 0002 | MTC-00010733
Hillemann, Craig | 0002 | MTC-00011064
Hiller III, Russel D. | 0001 | MTC-00007624
Hillger, Richard | 0001 | MTC-00007575
Hillgren, Douglas | 0001 | MTC-00018507
Hilliker, Frank | 0001 | MTC-00031760
Hillis, Sheri | 0001 | MTC-00013685
Hillman, Al | 0002 | MTC-00014298
Hillman, Edd | 0001 | MTC-00018431
Hillman, Gerald | 0002 | MTC-00033649
Hillman, John K. | 0001 | MTC-00025995
Hillmann, Scott | 0001 | MTC-00023600
Hilt, Edward and Marilynn | 0001 | MTC-00027288
Hilton, Dorothy | 0001 | MTC-00006862
Hilton, Jeffrey | 0001 | MTC-00022582
Hilton, Julie K. | 0001 | MTC-00031190
Hilton, Keith | 0001 | MTC-00027747
Hilton, Mark | 0001 | MTC-00030729
Hiltz, Peter | 0002 | MTC-00016802
Hilyard, Signe | 0001 | MTC-00014282
Himes, Barbara A. | 0001 | MTC-00014628
Himes, John | 0001 | MTC-00008717
Himmelfarb, Herb | 0001 | MTC-00004636
Himmelfarb, Herbert S. | 0001 | MTC-00032323
Himmer, George and Cynthia | 0001 | MTC-00016400
Hinds, F.C. Jr. | 0001 | MTC-00026467
Hinds, Mark | 0001 | MTC-00027456
Hiner, Chris | 0001 | MTC-00016469
Hines, Jim | 0001 | MTC-00017853
Hines, Valerie | 0001 | MTC-00008692
Hinkle, Alys | 0001 | MTC-00008306
Hinkle, Barton L. | 0001 | MTC-00005731
Hinkle, Chuck | 0001 | MTC-00000692
Hinrichs, Randy | 0002 | MTC-00011610
Hinrichs, Tom | 0001 | MTC-00031350
Hinsch Jr., James E. | 0001 | MTC-00006273
Hinsicker, Bert | 0002 | MTC-00024970
Hinson, Chuck | 0001 | MTC-00015842
Hinson, Johnie Rev. | 0001 | MTC-00008218
Hipp, Michael | 0001 | MTC-00002646
Hipps, Jay | 0002 | MTC-00001864
Hirons, Budd | 0001 | MTC-00012784
Hirsch, David | 0001 | MTC-00018878
Hirschhorn, Alan D. | 0001 | MTC-00013638
Hirschman, Jonathan | 0003 | MTC-00004689
Hirsh, Jordan M. | 0001 | MTC-00024548
Histed, Mark | 0002 | MTC-00016323
Hitchens, Ron | 0002 | MTC-00026822
Hiu, Jim | 0005 | MTC-00010797
Hixson, Charles | 0001 | MTC-00004902
Hixson, Charles | 0001 | MTC-00018030
hking24834@ aol.com | 0001 | MTC-00028062
Hlava, Joyce | 0001 | MTC-00026009
HLW125@ aol.com | 0001 | MTC-00006217
Hnatow, Joel | 0001 | MTC-00003753
Hnorris@ west.raytheon.com | 0001 | MTC-00014654
hO, mARGARET | 0001 | MTC-00025281
Ho, Michael | 0001 | MTC-00008628
Ho, Rayson | 0001 | MTC-00027232
Hobart, Aaron | 0001 | MTC-00015107
Hobbs, Susan | 0001 | MTC-00008472
Hobin, Frank | 0001 | MTC-00008077
Hochberger, Alex | 0003 | MTC-00000547
Hochhalter, Brian | 0001 | MTC-00019849
Hochheiser, Harry | 0002 | MTC-00004631
Hochrine, Chris | 0001 | MTC-00019503
Hockin, Tim | 0001 | MTC-00003695
Hodgdon, Bob | 0001 | MTC-00029763
Hodgers, James | 0001 | MTC-00016652
Hodges, Gil | 0001 | MTC-00008720
Hodgins, Gerald | 0001 | MTC-00031209
Hodgson, David | 0001 | MTC-00006002
Hodgson, Peter | 0001 | MTC-00011147
Hodgson, Robert | 0002 | MTC-00006820
Hoefer, Bernie | 0001 | MTC-00030130
Hoehne, Paul | 0002 | MTC-00017796
Hoener, Jeffrey R. | 0001 | MTC-00031130
Hoerner, Paul A. | 0002 | MTC-00005085
Hoernlein, Jacqueline | 0002 | MTC-00033334
Hoess, Christopher | 0002 | MTC-00026520
Hofer, Andrew | 0001 | MTC-00016999
Hoff, Dave | 0001 | MTC-00007070
Hoff, Peter | 0001 | MTC-00000546
Hoffman | 0001 | MTC-00010087
Hoffman, Andrew | 0001 | MTC-00031019
Hoffman, Auren | 0001 | MTC-00008177
Hoffman, Bob | 0001 | MTC-00005605
Hoffman, Del | 0001 | MTC-00029499
Hoffman, J. Scott | 0003 | MTC-00016488
Hoffman, Joe | 0001 | MTC-00003053
Hoffman, Karen | 0001 | MTC-00024923
Hoffman, Karen | 0001 | MTC-00030365
Hoffman, Leon | 0002 | MTC-00010629
Hoffman, Mark | 0001 | MTC-00005777
Hoffman, Melaine | 0003 | MTC-00027748
Hoffman, Peter Holt | 0002 | MTC-00003668
Hoffman, Randy | 0001 | MTC-00024928
Hoffman, Randy | 0001 | MTC-00030416
Hoffman, Rich | 0001 | MTC-00005616
Hoffman, Russell | 0001 | MTC-00031567
Hoffman, Scott M. | 0001 | MTC-00003641
Hoffman, Thad | 0001 | MTC-00024310
Hoffman, Thomas | 0001 | MTC-00003190
Hoffman, Torrey | 0001 | MTC-00018063
Hoffman, Warren | 0001 | MTC-00008415
Hoffmeyer, Lance | 0001 | MTC-00019021
Hoffnung, Leonard | 0001 | MTC-00017231
Hofmann, James | 0001 | MTC-00023653
Hogaboom, Ralph | 0001 | MTC-00018001
Hogan, Dan | 0001 | MTC-00027601
Hogan, David | 0001 | MTC-00023545
Hogan, David | 0001 | MTC-00005951
Hogan, Patrick and Marlene | 0001 | MTC-00014038
Hogarty, Tom | 0001 | MTC-00003880
Hogen, Thomas | 0001 | MTC-00030410
Hogen, Thomas | 0001 | MTC-00030441
Hoggan, Michael S. | 0001 | MTC-00003620
Hogue, Marcus P. | 0001 | MTC-00006280
Hogue, Robert | 0001 | MTC-00005291
Hohensee, Rick | 0001 | MTC-00000487
Hohmann, James P. | 0001 | MTC-00025912
Hokanson, Nathan | 0001 | MTC-00017694
Hoke, John S. | 0001 | MTC-00009379
Hoker, Kyle | 0002 | MTC-00001558
Holan, Michael | 0001 | MTC-00031807
Holan, Michael | 0001 | MTC-00031836
Holanberg, Carl | 0001 | MTC-00024572
Holand, Karen | 0002 | MTC-00025318
Holbert, Grant | 0001 | MTC-00016974
Holbert, Jonathan | 0001 | MTC-00026095
Holbrook, Mark | 0001 | MTC-00016656
Holbrook, Megan | 0001 | MTC-00022699
Holcomb, Brett I. | 0001 | MTC-00018771
Holcomb, Jeff | 0001 | MTC-00011374
Holcomb, John | 0001 | MTC-00016093
Holcomb, Katherine | 0001 | MTC-00018925
Holcombe, Betty M. | 0001 | MTC-00007591
Holden, Jim | 0001 | MTC-00006675
Holden, Steve | 0002 | MTC-00003067
Holden, Stuarty | 0001 | MTC-00008468
Holden, Susan | 0001 | MTC-00006828
Holdener, Steve | 0002 | MTC-00016171
Holder, Gaylord | 0002 | MTC-00017105
Holder, Janice | 0001 | MTC-00026634
Holdredge, Chris | 0001 | MTC-00015090
Holdveith, Harold | 0002 | MTC-00027729
Holert, Bob | 0001 | MTC-00007119
Holkan, Bob | 0001 | MTC-00008294
Holkan, Bob | 0002 | MTC-00024844
Hollabaugh, Marie | 0002 | MTC-00029156
Hollabaugh, Thomas A. | 0001 | MTC-00029167
Holladay, Robert | 0001 | MTC-00006639
Holland, Art | 0001 | MTC-00000643
Holland, Brian | 0001 | MTC-00007884
Holland, Claude | 0001 | MTC-00028852
Holland, Franklin and Brenda | 0002 | MTC-00014612
Holland, John | 0001 | MTC-00015939
Holland, John | 0001 | MTC-00016070
Holledge, Simon | 0001 | MTC-00001035
Hollenbeck, Dick | 0001 | MTC-00010567
Holley, Adam | 0001 | MTC-00015537
Holley, Christopher | 0001 | MTC-00026677
Holliday, Clarys | 0001 | MTC-00031303
Hollin, Bernard | 0001 | MTC-00005920
Hollinger, Roy | 0001 | MTC-00019380
Hollings, Peter | 0002 | MTC-00033537
Hollings, Peter | 0002 | MTC-00027433
Hollingsworth, Peter | 0001 | MTC-00018228
Holloway, Chris | 0001 | MTC-00025169
Holloway, Tim | 0001 | MTC-00029587
holly—miller@ hotmail.com | 0001 | MTC-00028108
Holm, Herbert L. | 0001 | MTC-00014763
Holmberg, Carl | 0002 | MTC-00017895
Holmer, Curt | 0002 | MTC-00020844
Holmer, Glenn | 0002 | MTC-00025803
Holmes, Bryce | 0002 | MTC-00005952
Holmes, Thomas | 0001 | MTC-00002768
Holmlund, G.L. | 0001 | MTC-00007664
Holmlund, James | 0001 | MTC-00013691
Holmquist | 0002 | MTC-00031792
Holms, Jennifer | 0002 | MTC-00011463
Hologounis, Anthony | 0001 | MTC-00004547
Holoman, Stuart B. | 0001 | MTC-00032890
Holowaty, Nicholas | 0001 | MTC-00020900
Holron, Jim | 0003 | MTC-00027674
Holsberg, Pete | 0001 | MTC-00011366
HOlshouser, Noel | 0001 | MTC-00024971
Holsted, Paul | 0001 | MTC-00011716
Holstein, John | 0001 | MTC-00033345
Holt, Betty | 0002 | MTC-00027045
Holt, Brett | 0001 | MTC-00021194
Holt, Chris | 0001 | MTC-00005554
Holt, Don | 0001 | MTC-00011495
Holt, Fred B. | 0002 | MTC-00004774
Holt, Greg | 0001 | MTC-00023478
Holt, Jason | 0001 | MTC-00000499
Holt, Jason | 0001 | MTC-00019990
Holt, Jillian Chamberlain | 0001 | MTC-00030838
Holt, Judson | 0001 | MTC-00015476
Holt, Sean | 0001 | MTC-00013865
Holtz, Dixie | 0001 | MTC-00031125
Holtz, Timothy | 0001 | MTC-00009500
Holtzinger, Don | 0001 | MTC-00007810
Holtzinger, Don | 0001 | MTC-00030768
Holve, Michael | 0002 | MTC-00003736
Holy, Tim | 0001 | MTC-00003141
Holzheu, Alfred | 0001 | MTC-00007752
Holzman, Tom | 0001 | MTC-00007845
Homsher, Dave V. | 0001 | MTC-00015027
Hong, Danny | 0001 | MTC-00020117
Hong, Joan | 0001 | MTC-00026528
Hood, Charles | 0001 | MTC-00015076
Hood, Joseph L. | 0001 | MTC-00015421
Hoon, Paul L. | 0001 | MTC-00007220
Hooper, Stephen | 0002 | MTC-00017831
Hoopes, Branden | 0001 | MTC-00008097
Hoot, Fred | 0001 | MTC-00026604
Hooten, John Robert | 0001 | MTC-00008334
Hooton, Sharon | 0001 | MTC-00015318
Hoots, Bryan | 0001 | MTC-00007064
Hoover, Abigail J. | 0001 | MTC-00027483
Hoover, Lyle F. | 0001 | MTC-00006070
Hopfer | 0002 | MTC-00027637
Hopkins, Jamie | 0001 | MTC-00030034
Hopkins, Kristin | 0002 | MTC-00033671
Hopkins, Stephen | 0002 | MTC-00028692
Hopp, Ted | 0001 | MTC-00003276
Hopper, Dave | 0001 | MTC-00024427
Hopper, Lester | 0001 | MTC-00028222
Hopping, Kenneth | 0001 | MTC-00008891
Horakh, Brian | 0002 | MTC-00000912
Horanburg, Chadd | 0001 | MTC-00015147
Hordinski, Richard | 0001 | MTC-00001871
Horlick, John | 0001 | MTC-00009857
Horn, Bruce | 0001 | MTC-00027051
Horn, Jamie | 0001 | MTC-00029891
Horn, Jeffrey | 0001 | MTC-00029279
Horn, Mark | 0001 | MTC-00016267
Horncastle, Brian | 0001 | MTC-00003709
Horne, Bill | 0001 | MTC-00027859
Horne, Christopher | 0001 | MTC-00014694
Horner, Lenore | 0002 | MTC-00026227
Horner, Wayne | 0001 | MTC-00020118
Horner, Wesley | 0001 | MTC-00013069
Hornstein, John | 0003 | MTC-00012910
hornswamp@ yahoo.com | 0001 | MTC-00025205
Hornyak,m Matthew | 0001 | MTC-00017049
Horovitz, Karen | 0001 | MTC-00029389
Horowitz, Ken | 0001 | MTC-00011673
Horowitz, Michael | 0002 | MTC-00027948
Horowitz, Rick | 0001 | MTC-00021027
Horrocks, David | 0002 | MTC-00029008
Horrocks, George | 0003 | MTC-00020219
Horse, Craig | 0002 | MTC-00003479
Horseman, Claude | 0002 | MTC-00030687
Horst, Benjamin | 0001 | MTC-00013876
Horvath, Bob | 0001 | MTC-00020142
Horvath, Yuriko | 0001 | MTC-00016840
Horvatic, John | 0001 | MTC-00001856
Horwitz, Jeremy | 0002 | MTC-00000556
Hosage, John | 0001 | MTC-00016861
Hostetler, Ronald and Carol | 0001 | MTC-00030428
Hostetter, Chris | 0001 | MTC-00018098
Hostetter, Sam | 0001 | MTC-00015928
Hotchkiss, Mark | 0005 | MTC-00002576
Hotmail | 0001 | MTC-00004347
Houda, Michael | 0001 | MTC-00021581
Hought, Wade | 0001 | MTC-00016472
Houghtaling | 0001 | MTC-00029708
Houghton, Adam | 0001 | MTC-00016811
Houghton, Charles | 0001 | MTC-00014289
Hougton, Jon | 0001 | MTC-00006783
Houle, Terry | 0001 | MTC-00003646
Houlihan, Andrew | 0001 | MTC-00021055
Houlmiere, Edwina and Patrick | 0001 | MTC-00011391
Houlmiere, Edwina and Patrick | 0001 | MTC-00032621
House, Alan | 0003 | MTC-00009047
House, C. M. | 0001 | MTC-00006201
House, Seth | 0001 | MTC-00016808
Housel, Lester | 0002 | MTC-00027722
Housel, Lester | 0001 | MTC-00013844
Houston, James | 0001 | MTC-00028007
Houston, James | 0001 | MTC-00033579
Houtzer, Alan R. | 0001 | MTC-00013095
Hoven, Stephen | 0002 | MTC-00030740
Hover, Derek | 0001 | MTC-00003238
Hoverson, Steve | 0001 | MTC-00014473
Hovis, Jack | 0001 | MTC-00006236
Howama, M. | 0001 | MTC-00014959
Howard, Albert | 0001 | MTC-00008198
Howard, Albert | 0001 | MTC-00019396
Howard, Chris | 0001 | MTC-00016979
Howard, Dewey | 0002 | MTC-00033662
Howard, Ellis | 0002 | MTC-00014106
Howard, Jeffrey S. | 0001 | MTC-00002535
Howard, Jerry | 0001 | MTC-00006222
Howard, Joe | 0001 | MTC-00019539
Howard, Mark | 0001 | MTC-00014937
Howard, Robert | 0001 | MTC-00002481
Howe, Allynn | 0001 | MTC-00011270
Howe, Andy | 0001 | MTC-00006246
Howe, Charleru | 0003 | MTC-00028388
Howe, John M | 0002 | MTC-00026403
Howe, Richard W. | 0002 | MTC-00017722
Howell, Charles | 0001 | MTC-00024318
Howell, John S. | 0002 | MTC-00025642
Howell, Paul | 0001 | MTC-00000709
Howes, Jeremy | 0003 | MTC-00021196
Howes, Richard | 0001 | MTC-00020452
howlanhr@ hotmail.com | 0001 | MTC-00015996
Howsden, Mike | 0001 | MTC-00022063
Hoyer, Geoff | 0001 | MTC-00022511
Hoyle, Brad | 0001 | MTC-00015644
Hoyle, Linda Summer | 0001 | MTC-00031227
Hoyle, Michelle | 0001 | MTC-00020579
Hoyt, James G. | 0001 | MTC-00023976
Hranac, Rob | 0001 | MTC-00014913
hrtuck@ att.net | 0001 | MTC-00024771
Hsi, Andrew | 0001 | MTC-00014457
Hsieh, Ching | 0001 | MTC-00031133
Hsu, Bill | 0001 | MTC-00024851
Hsu, Che J. | 0001 | MTC-00018658
Hsu, Johnny | 0001 | MTC-00024707
Huang, Edward | 0001 | MTC-00022519
Huang, Hans | 0001 | MTC-00007261
Hubbard, Jerry W. | 0001 | MTC-00023500
Hubbard, Kevin | 0001 | MTC-00002390
Hubbard, Kevin | 0001 | MTC-00014841
Hubbard, Randy | 0001 | MTC-00019934
Hubbard, Violet L. | 0001 | MTC-00027874
Hubbell, Jane | 0001 | MTC-00030363
Hubbell, Richard | 0002 | MTC-00006705
Huber, Blake | 0001 | MTC-00021693
Huber, Marianne J. | 0001 | MTC-00027414
Huber, Pat | 0001 | MTC-00006596
Huber, Robert | 0001 | MTC-00001440
Hubert1834@ aol.com | 0001 | MTC-00007128
Hubner, James B. | 0002 | MTC-00015572
Huck, Antje E. | 0001 | MTC-00007287
Huckabee, Mike | 0002 | MTC-00012716
Hucke, Matt | 0001 | MTC-00024362
Huckestein, Betty J. | 0001 | MTC-00012812
Hudak, Harry | 0001 | MTC-00019375
hudginsjettney@ netscape.net | 0001 | MTC-00014542
Hudsen, Ralph | 0001 | MTC-00002929
Hudson, Keith | 0001 | MTC-00016174
Hudson, Kevin | 0002 | MTC-00028956
Hudson, R. Suter | 0002 | MTC-00032923
Hudson, Ralph | 0001 | MTC-00011473
Hudson, Richard | 0001 | MTC-00029661
Hudspith, J. Edwin | 0001 | MTC-00030959
Hudyma, David | 0002 | MTC-00030933
Huebert, Jen | 0001 | MTC-00004781
Huenke, Timothy | 0001 | MTC-00026690
Huey, Kathleen | 0001 | MTC-00006257
Huff, Brian | 0001 | MTC-00017669
Huff, Cameron | 0001 | MTC-00013488
Huff, Harry | 0001 | MTC-00000008
Huff, Polita | 0001 | MTC-00006685
Huff, Tom | 0001 | MTC-00006071
Huffman, Bill | 0001 | MTC-00003747
Huffman, Richard | 0001 | MTC-00017616
Huffman, Tim | 0001 | MTC-00017444
Hughes, Bill | 0001 | MTC-00023498
Hughes, Bill | 0001 | MTC-00029873
Hughes, Eric | 0002 | MTC-00024300
Hughes, John | 0001 | MTC-00006321
Hughes, John | 0001 | MTC-00023536
Hughes, John | 0001 | MTC-00029385
Hughes, Marc | 0001 | MTC-00004933
Hugo, Don | 0001 | MTC-00016299
Hui, Marc | 0001 | MTC-00027839
Hui, Marc | 0001 | MTC-00029767
Hui, shirley | 0001 | MTC-00029766
Hui, Shirley | 0001 | MTC-00029793
Huie, Marcus | 0001 | MTC-00031562
Huizinga, Gretchen | 0002 | MTC-00029336
Hule, M | 0001 | MTC-00025573
Hulegaard, Steffen | 0002 | MTC-00020131
Hull, Joseph | 0003 | MTC-00001498
Hull, Tom | 0001 | MTC-00027800
Hull, Yvonne | 0001 | MTC-00023337
Hulme, Jackie | 0001 | MTC-00000399
Hulse, Alex | 0001 | MTC-00009723
Hultin, Eric | 0001 | MTC-00014897
Hume, Joseph | 0001 | MTC-00019232
Hummel, Valerie R. | 0001 | MTC-00008346
Hummelfork, Herb | 0001 | MTC-00008950
Humphrey, Dick | 0001 | MTC-00027237
Humphrey, Dick | 0001 | MTC-00006948
Humphreys, J. Eric | 0002 | MTC-00026530
Humphries, Ken | 0002 | MTC-00023360
Hundley, Landon | 0001 | MTC-00014116
Hundley, Virginia | 0001 | MTC-00031518
Hundstad, Jim | 0001 | MTC-00030043
Hunnefield, Charles | 0001 | MTC-00016483
Hunnel, Walter | 0001 | MTC-00018848
Hunnicutt, William | 0001 | MTC-00030408
Hunold, Alex | 0001 | MTC-00009800
Hunt, Charlie | 0002 | MTC-00024364
Hunt, David | 0001 | MTC-00013405
Hunt, John | 0001 | MTC-00002693
Hunt, Klara | 0001 | MTC-00010883
Hunt, Krystle | 0001 | MTC-00013492
Hunt, Phil | 0001 | MTC-00019450
Hunt, Tad | 0001 | MTC-00018468
Hunt, Thomas | 0001 | MTC-00015437
Hunt, William C. | 0002 | MTC-00021265
hunt4Him@ aol.com | 0001 | MTC-00028196
Hunter A3 | 0001 | MTC-00003776
Hunter, Dave | 0001 | MTC-00004091
Hunter, Graham | 0001 | MTC-00024445
Hunter, Kendall S. | 0003 | MTC-00018242
Hunter, Marsha | 0001 | MTC-00005297
Hunter, Matthew | 0004 | MTC-00003437
Hunter, Mike | 0001 | MTC-00015419
Hunter, Ross | 0001 | MTC-00007134
Hunter, Stan | 0001 | MTC-00017635
Huntley, Haydn | 0002 | MTC-00023873
Huott, Ed | 0001 | MTC-00018021
Hupp, Lillian | 0001 | MTC-00020814
Hurd, Rich | 0001 | MTC-00004383
Hurd, Rich | 0001 | MTC-00004384
Hurdelbrink, Jesika | 0001 | MTC-00005298
Hurley, Chad | 0001 | MTC-00016135
Hurley, Robert B. | 0001 | MTC-00006878
Hurst, Dow | 0001 | MTC-00028379
Hurst, Jeff | 0001 | MTC-00019628
Hurt, Billy | 0001 | MTC-00005792
Hurt, Billy G. | 0002 | MTC-00031580
Hurty, Mark | 0001 | MTC-00004303
Husan, Margaret and John | 0001 | MTC-00026818
Husick, Lawrence | 0002 | MTC-00028486
Husley, Connie D. | 0001 | MTC-00009956
Hussain, Imad | 0002 | MTC-00015060
Hussey, Dennis J. | 0002 | MTC-00002170
Huston, David | 0001 | MTC-00029454
Huston, Gerrit Christine | 0002 | MTC-00005188
Huston, Judith | 0002 | MTC-00033669
Husty, Steve | 0001 | MTC-00015758
Hutchins, William R. | 0002 | MTC-00033385
Hutchinson, Casey | 0001 | MTC-00022601
Hutchinson, Lonnie | 0001 | MTC-00024089
Hutchinson, Melvia | 0001 | MTC-00031716
Hutchinson, Todd | 0001 | MTC-00019493
Hutchison, Chris | 0001 | MTC-00018060
Hutchison, Harold | 0002 | MTC-00026706
Hutchison, Jon | 0001 | MTC-00027574
Hutchison, Richard C. | 0001 | MTC-00015180
Hutnick, Peter | 0002 | MTC-00017672
Hutton, Rob | 0002 | MTC-00022540
Huuk, Leslie | 0001 | MTC-00015888
Huxley, Iain | 0001 | MTC-00024724
hv3@ smartconnect.ent | 0001 | MTC-00011410
Hvilsted, Jan | 0001 | MTC-00024374
hwitbera@ hotmail.com | 0001 | MTC-00010455
Hyatt, Andrew | 0001 | MTC-00017028
Hyatt, Bruce | 0001 | MTC-00003146
Hyatt, Glenn | 0001 | MTC-00011626
Hyde, Charlie | 0001 | MTC-00006407
Hyland, Ron and James | 0001 | MTC-00027282
Hynes, Robert J. | 0001 | MTC-00008685
Hysom, Stuart | 0002 | MTC-00027624
Hyster, David | 0002 | MTC-00031667
Hzfeez, Sean | 0001 | MTC-00017139
Iacono, Joseph | 0001 | MTC-00013402
Iacovino, Frank | 0004 | MTC-00018592
Iacullo, Rob | 0001 | MTC-00019512
Iadonisi, paul | 0001 | MTC-00027071
Ian, Ken | 0001 | MTC-00003172
Iaquinta, Larry | 0001 | MTC-00016758
Iatesta, Anthony | 0001 | MTC-00030954
Ibbotson, Richard | 0001 | MTC-00018212
Ibrakes | 0001 | MTC-00026119
Ice, Heath C. | 0001 | MTC-00015309
Ice, Philip | 0002 | MTC-00031030
Ickes, Michael | 0001 | MTC-00022808
idealist—@ hotmail.com | 0001 | MTC-00024832
Idiot, Iman | 0001 | MTC-00024332
Ienatsch, N. | 0001 | MTC-00018183
Igla, Karen | 0001 | MTC-00020011
Iglesias, Gonzalo H. | 0001 | MTC-00031780
Ignasiak, Todd | 0001 | MTC-00000141
Ike, Joe G. | 0003 | MTC-00028394
Iksrazal, Trebor | 0002 | MTC-00009749
Ilgen, Paul | 0001 | MTC-00028526
Illari, Katrina | 0002 | MTC-00026388
Illari, Katrina | 0003 | MTC-00027125
Illback, Jim | 0001 | MTC-00009437
Illyefalui, Kalman and Phyllis | 0001 | MTC-00026454
ILPI Support Team | 0002 | MTC-00001814
Imam, Najati | 0001 | MTC-00018033
Imaxxx@ aol.com | 0001 | MTC-00007066
Imenez, Erlin | 0001 | MTC-00011212
immbfd@ gwumc.edu | 0001 | MTC-00028150
Immordino, Sam | 0001 | MTC-00015636
Imperial, John J. | 0001 | MTC-00007394
Impey, William | 0001 | MTC-00007188
Impola, Paul | 0001 | MTC-00018758
Imshenetskiy, Vlad | 0001 | MTC-00018035
Infortunio, Fred | 0001 | MTC-00005760
Ingargiola, Anthony | 0001 | MTC-00015981
Ingersoll, Abraham | 0001 | MTC-00017839
Ingham, Richard | 0001 | MTC-00005984
Ingham, William | 0001 | MTC-00030982
Ingles, Raymond | 0001 | MTC-00018050
Ingram, Charles T. | 0001 | MTC-00000705
Ingram, Lillian and Ralph | 0001 | MTC-00006943
Ingram, Stephen | 0002 | MTC-00002755
Ingulsrud, Joel | 0001 | MTC-00013486
Inman, Mike | 0001 | MTC-00009133
Innocenti, Lee | 0001 | MTC-00009017
Insaf, Shabana | 0001 | MTC-00027019
Insert random name here | 0002 | MTC-00020210
Insigna, Aron K. | 0001 | MTC-00019912
Insinger, Merle | 0001 | MTC-00027305
Insko, Patrick | 0003 | MTC-00025629
Intagliator | 0001 | MTC-00008893
Interior, Casper | 0002 | MTC-00030776
IOFZ@ aol.com | 0002 | MTC-00005573
Ip, Kar | 0001 | MTC-00006173
Ippolito, Domenic | 0001 | MTC-00017550
Ireland, Mike | 0001 | MTC-00002318
Irlando, Gianina | 0002 | MTC-00030951
Irvin, Mary and Jim | 0001 | MTC-00027026
Irvine, Rich | 0001 | MTC-00015854
Irwin, Bonnie L. | 0001 | MTC-00008897
Irwin, Jason | 0001 | MTC-00028359
Irwin, Marty | 0002 | MTC-00028420
Irwin, Marty | 0001 | MTC-00030140
Isard, Stephen | 0002 | MTC-00027642
Isburgh, Peter | 0001 | MTC-00013931
ischade@ mindspring.com | 0001 | MTC-00011137
Ischinger, Kathryn | 0001 | MTC-00006067
Isenberg, Ed and Helen | 0002 | MTC-00000385
Isham, Jerome | 0001 | MTC-00029323
Isharvi@ attglobal.net | 0002 | MTC-00014345
Ishmael, M.J. | 0001 | MTC-00015951
Ishtar, Tristan | 0001 | MTC-00004461
Islam, Faisal | 0001 | MTC-00020133
Islam, Faisal | 0001 | MTC-00023661
Ismail, Pierre | 0001 | MTC-00018347
Israel, Larry | 0001 | MTC-00026627
Israel, Onalee | 0001 | MTC-00006546
Israel, Walter | 0001 | MTC-00031789
itchell, Randolph | 0001 | MTC-00027543
Ittner, Andrew | 0001 | MTC-00020084
Itty, Sujit | 0001 | MTC-00014148
Iva, Curtis | 0001 | MTC-00009179
Ivers, Rory | 0001 | MTC-00003386
Ivey, Delbert G. | 0001 | MTC-00025764
Ivey, Russell | 0001 | MTC-00009556
Ivie, Charles | 0001 | MTC-00011306
Ivory, John | 0001 | MTC-00016980
Ivy, Joan | 0002 | MTC-00031943
Izzo, Robert | 0002 | MTC-00026406
J., Pat | 0001 | MTC-00015086
Jaber, David | 0001 | MTC-00027047
Jabien | 0001 | MTC-00012811
Jablinske, Anne E. | 0002 | MTC-00000432
Jabloski, John | 0001 | MTC-00015187
jacekos | 0001 | MTC-00021375
Jack, Daniel | 0002 | MTC-00027828
Jack, Jeremey C. | 0001 | MTC-00024750
Jack, Scott | 0001 | MTC-00024028
jackchro | 0001 | MTC-00026684
jackhhl | 0001 | MTC-00025195
JackieVan@ aol.com | 0001 | MTC-00013759
Jackman, Ann Porter | 0001 | MTC-00030339
jackmilazzo@ att.net | 0001 | MTC-00005857
Jacksen, Annie | 0001 | MTC-00008536
Jackson, Ann | 0001 | MTC-00011649
Jackson, Brad | 0004 | MTC-00027083
Jackson, Brian | 0001 | MTC-00001834
Jackson, Bruce | 0001 | MTC-00006083
Jackson, Chris | 0002 | MTC-00017325
Jackson, Dane | 0002 | MTC-00025561
Jackson, David | 0002 | MTC-00005059
Jackson, Helga | 0001 | MTC-00005073
Jackson, James | 0001 | MTC-00020753
Jackson, John | 0001 | MTC-00028553
Jackson, Josh | 0001 | MTC-00019282
Jackson, Karl H. | 0001 | MTC-00019806
Jackson, Stephanie | 0001 | MTC-00014150
Jackson, Trey | 0001 | MTC-00018401
Jacob, Arthur | 0001 | MTC-00008622
Jacob, Stephan | 0001 | MTC-00008843
Jacobs, Ben | 0001 | MTC-00019003
Jacobs, Dan | 0001 | MTC-00026336
Jacobs, Dave | 0003 | MTC-00010188
Jacobs, Jeanne | 0001 | MTC-00006360
Jacobs, Jeff | 0002 | MTC-00017192
Jacobs, John | 0002 | MTC-00003284
Jacobs, Judith F. | 0001 | MTC-00010771
Jacobs, L. E. | 0001 | MTC-00008135
Jacobs, Lloyd D. | 0001 | MTC-00029315
Jacobs, Robert | 0002 | MTC-00015839
Jacobs, Scott | 0001 | MTC-00003026
Jacobs, Steve | 0002 | MTC-00022793
Jacobsen, Curt | 0001 | MTC-00019972
Jacobsen, Sally | 0001 | MTC-00006702
Jacobsen, Sarah E. | 0001 | MTC-00031986
Jacobsne, John | 0001 | MTC-00016084
Jacobson, Steve | 0001 | MTC-00000456
Jacoby, David | 0001 | MTC-00016964
Jacques, Alex | 0002 | MTC-00022739
Jacquet, Michael | 0001 | MTC-00005135
Jacquez, Al | 0001 | MTC-00024340
Jadeed, Mark | 0001 | MTC-00008374
Jaeb, Lorena | 0001 | MTC-00031435
Jaffa, Scott | 0001 | MTC-00020347
Jaffe, Frank | 0003 | MTC-00015258
Jagarapu, Ravi | 0001 | MTC-00029810
Jahn, Jeremiah | 0001 | MTC-00016710
Jain, Amit | 0001 | MTC-00004836
Jalot, Tresa | 0001 | MTC-00030054
jalsardl@ ix.netcom.com | 0001 | MTC-00012740
James | 0001 | MTC-00016895
James, Andrew | 0001 | MTC-00016988
James, Brett | 0001 | MTC-00014780
James, Dal | 0001 | MTC-00008019
James, Dwight and Nancy | 0001 | MTC-00008406
James, Ernie | 0001 | MTC-00007442
James, Garrick | 0003 | MTC-00016738
James, Geoffrey | 0001 | MTC-00031527
James, Heather | 0002 | MTC-00015329
James, Henry | 0001 | MTC-00029867
James, Johnathan | 0001 | MTC-00018174
James, Kelly | 0001 | MTC-00030761
James, Louis | 0002 | MTC-00029951
James, Lucille | 0001 | MTC-00031948
James, William | 0001 | MTC-00024052
jamesa@ cashco.com | 0001 | MTC-00022001
Jamesc@ phoenixhitec.com | 0001 | MTC-00024807
Jamie | 0001 | MTC-00007549
Jamie | 0001 | MTC-00014941
JAMIKESEG@ aol.com | 0001 | MTC-00013395
Jamison, Brian | 0002 | MTC-00000561
Jamison, David | 0001 | MTC-00031325
Jamison, Karol | 0002 | MTC-00020255
janatmsn@ msn.com | 0001 | MTC-00021982
Janemanni@ aol.com | 0001 | MTC-00009864
Janisch, Tyler | 0001 | MTC-00033681
Jann, Robert | 0001 | MTC-00008827
Janne, Dave | 0001 | MTC-00006815
Janofsky, Tom | 0001 | MTC-00015630
Jansen, Ben | 0001 | MTC-00023164
Jansen, David | 0002 | MTC-00013142
Jansen, Dorothy | 0002 | MTC-00033510
Jansson, Peter M. | 0001 | MTC-00021864
jap@ ssitech.com | 0001 | MTC-00021971
Jaqesysh, Andy | 0001 | MTC-00017748
Jaran, Daniel | 0001 | MTC-00025730
Jaredh@ att.net | 0002 | MTC-00000452
Jaremka, James | 0001 | MTC-00027977
Jarmax, Bob | 0001 | MTC-00020057
Jarobson, Marc S. | 0001 | MTC-00026128
Jarrard, Margaret | 0001 | MTC-00011290
Jarrard, Nancy | 0001 | MTC-00026098
Jarrell, Randall | 0001 | MTC-00031391
Jarvis, John | 0001 | MTC-00017461
Jarvis, Kenneth | 0001 | MTC-00000004
Jarzynski, Darek | 0001 | MTC-00008990
Jason | 0001 | MTC-00005211
Jason | 0001 | MTC-00026443
Jason C. Penney | 0001 | MTC-00015327
Jasper, Rich | 0002 | MTC-00030421
Jast, Jennie | 0001 | MTC-00006752
Jauadi, Massoud | 0002 | MTC-00010409
Javett, John K. | 0001 | MTC-00031417
Javid, David | 0001 | MTC-00004626
Jaworski, James | 0002 | MTC-00017827
Jay, Jeff | 0001 | MTC-00013368
Jay, Joe E. | 0001 | MTC-00026496
jayjcarter@ aol.com | 0001 | MTC-00021972
Jazupkow | 0001 | MTC-00026132
JC | 0001 | MTC-00025708
Jcbogg@ aol.com | 0001 | MTC-00012528
JCH312@ aol.com | 0001 | MTC-00007401
jcowert@ hotmail.com | 0001 | MTC-00028649
jcromie@ divsol.com | 0001 | MTC-00002689
jdenney@ scisys.net | 0001 | MTC-00013819
jduffy@ may.com | 0001 | MTC-00013837
jdunik@ simplexgroup.com | 0001 | MTC-00010332
Jeanette | 0001 | MTC-00008533
jeanmiyake@ msn.com | 0001 | MTC-00013823
Jeannet, Anna | 0001 | MTC-00008540
Jeavons, Andrew | 0001 | MTC-00015064
Jedlicka, Timothy | 0002 | MTC-00019875
Jef | 0001 | MTC-00016428
Jeff | 0002 | MTC-00033188
jeffat@ carolina.rr.com | 0001 | MTC-00010370
Jefferies, Chris | 0003 | MTC-00017377
Jeffers, Marion & Gregory | 0001 | MTC-00030161
Jeffo, El | 0001 | MTC-00014878
Jeffress, Bob and Rosalie | 0001 | MTC-00005809
Jeffrey, Johan | 0001 | MTC-00002306
Jeffries | 0001 | MTC-00011617
Jegottka, Alex | 0001 | MTC-00021398
Jelagin, Andy | 0001 | MTC-00004440
Jellinek, Abe | 0001 | MTC-00013127
Jellison, Rita | 0001 | MTC-00012816
Jelmer | 0001 | MTC-00001163
Jen | 0001 | MTC-00019107
Jencks, Steve | 0001 | MTC-00001578
Jendersee, Terry | 0001 | MTC-00025851
Jeness, Cynthia | 0001 | MTC-00013324
Jenkins, Adam | 0001 | MTC-00010762
Jenkins, Adam | 0001 | MTC-00018013
Jenkins, Bill | 0001 | MTC-00022836
Jenkins, Catherine | 0001 | MTC-00024994
Jenkins, Charles | 0004 | MTC-00030639
Jenkins, Dan | 0002 | MTC-00027804
Jenkins, Jack | 0001 | MTC-00027489
Jenkins, Jack | 0001 | MTC-00033555
Jenkins, James | 0001 | MTC-00010099
Jenkins, Jeff | 0001 | MTC-00018007
Jenkins, Randy | 0001 | MTC-00016881
Jenkins, Rick | 0002 | MTC-00002653
Jenkins, Ron | 0001 | MTC-00005154
Jenkins, Stewart | 0002 | MTC-00025056
Jenkunk@ mac.com | 0001 | MTC-00024824
Jenner, Charles | 0001 | MTC-00007755
Jenness, Earl | 0002 | MTC-00027356
Jennings, Blair | 0001 | MTC-00021668
Jennings, Devoyd | 0001 | MTC-00031761
Jennings, Dewayne | 0001 | MTC-00008638
Jennings, Douglas Jr. | 0002 | MTC-00031400
Jennings, Jeffq | 0001 | MTC-00016316
Jennings, Kenneth | 0001 | MTC-00006764
Jennings, Michael | 0002 | MTC-00000767
Jennings, Michael | 0001 | MTC-00013915
Jennings, Michael | 0001 | MTC-00015454
Jennings, Richard | 0001 | MTC-00005133
Jenove, Matthew | 0001 | MTC-00017716
Jensas, Harals | 0001 | MTC-00009865
Jensen, Bill | 0001 | MTC-00019239
Jensen, Chris | 0001 | MTC-00006474
Jensen, Daniel | 0001 | MTC-00004211
Jensen, Daniel | 0001 | MTC-00019008
Jensen, Douglas | 0004 | MTC-00027452
Jensen, Inez | 0001 | MTC-00013982
Jensen, Jeff | 0001 | MTC-00015124
Jensen, John | 0001 | MTC-00004372
Jensen, Louemma | 0001 | MTC-00006807
Jensen, Niels | 0001 | MTC-00022265
Jensen, Paul E. | 0001 | MTC-00009232
Jensen, R.F. | 0001 | MTC-00008189
Jenson, M.J. | 0001 | MTC-00023220
Jenson, Victoria | 0001 | MTC-00029953
Jentink, J. | 0001 | MTC-00017610
Jentink, J. | 0002 | MTC-00025990
Jeremias | 0002 | MTC-00004096
Jergi, Kevin | 0001 | MTC-00025373
jerichelsing@ yahoo.com | 0001 | MTC-00017283
Jerman, Don | 0005 | MTC-00004862
Jerome, Kenneth | 0001 | MTC-00029992
jerry g | 0001 | MTC-00025183
jerry@ electromotion.com | 0001 | MTC-00017302
Jesmer, John | 0001 | MTC-00022792
Jessee, Chris | 0001 | MTC-00026024
Jester, Jay D. | 0001 | MTC-00001910
jetoosn@ flash.net | 0001 | MTC-00021973
Jett, Frank | 0001 | MTC-00009371
Jetton, Richard | 0001 | MTC-00019357
Jetzer, Bill | 0001 | MTC-00015932
Jevonowitz, Gerald | 0001 | MTC-00025677
Jew, Howard and Lucy | 0001 | MTC-00007507
Jewison, Patric | 0003 | MTC-00009684
Jhanwar, Raj | 0001 | MTC-00005761
JHBEHAN@ aol.com | 0001 | MTC-00023229
jhektner@ optonline.net | 0001 | MTC-00017284
jhektner@ optonline.net | 0001 | MTC-00017282
Jhige1032@ aol.com | 0001 | MTC-00024998
Ji, Xiaoping | 0001 | MTC-00028936
Jiang, Li | 0001 | MTC-00022470
Jiang, Peng | 0001 | MTC-00005414
Jide | 0001 | MTC-00026746
Jim | 0001 | MTC-00006714
Jim | 0001 | MTC-00003025
Jim | 0001 | MTC-00012051
jimdunlop@ mediaone.net | 0001 | MTC-00014532
Jimenez, Dr. | 0001 | MTC-00027920
Jimenez, Erlih | 0001 | MTC-00027934
Jimenez, Fernando | 0001 | MTC-00018900
Jimenez, Jeffrey | 0001 | MTC-00011043
Jimerez, Ailei | 0001 | MTC-00011211
jimthom78@ aol.com | 0001 | MTC-00028174
Jircitano, Brad A. | 0002 | MTC-00027138
jmd@ cybermesa.com | 0001 | MTC-00010379
jmegna@ wettv.org | 0001 | MTC-00014533
jmel@ adno.com | 0001 | MTC-00010922
Jmetz | 0001 | MTC-00029536
jnelms@ finalfrontiers,org | 0001 | MTC-00024245
Jobe, Jason | 0001 | MTC-00016241
Jochimsen,Michael | 0005 | MTC-00027379
Joe Cool | 0002 | MTC-00000856
Joel, Craig | 0001 | MTC-00010408
joel@ patriot-usa.com | 0001 | MTC-00014329
joelbraun@ att.net | 0001 | MTC-00011424
joelmassey@ attbi.com | 0001 | MTC-00010457
joelunchbucket@ hotmail.com | 0001 | MTC-00017212
Joham, David | 0002 | MTC-00027469
Johannes, Ernst | 0002 | MTC-00000914
Johansson, Peter | 0002 | MTC-00000633
John | 0002 | MTC-00020572
John | 0001 | MTC-00023402
john805@ lowatelecom.net | 0001 | MTC-00021403
johnh@ mail.truesdail.com | 0001 | MTC-00000851
Johns, John R. | 0001 | MTC-00018877
JOhns, Lee and June Miguel | 0001 | MTC-00030083
Johnsen, Gary | 0001 | MTC-00019891
Johnsen, Michael | 0001 | MTC-00016118
Johnson III, Thomas | 0002 | MTC-00008550
Johnson, Alex | 0001 | MTC-00004597
Johnson, Alex | 0001 | MTC-00026829
Johnson, Alfred | 0001 | MTC-00002441
Johnson, Andrew | 0002 | MTC-00028355
Johnson, Ben | 0001 | MTC-00017864
Johnson, Bobby | 0001 | MTC-00030026
Johnson, Boyd | 0001 | MTC-00014239
Johnson, Brett | 0001 | MTC-00016599
Johnson, Brian E. | 0003 | MTC-00000251
Johnson, Carl | 0001 | MTC-00018527
Johnson, Carl | 0002 | MTC-00031553
Johnson, Cary A. | 0001 | MTC-00007115
Johnson, Charles | 0001 | MTC-00029926
Johnson, Chris | 0001 | MTC-00018192
Johnson, Christopher | 0001 | MTC-00002547
Johnson, Curt | 0001 | MTC-00010302
Johnson, Dan | 0001 | MTC-00008021
Johnson, Dane | 0001 | MTC-00016327
Johnson, Daniel | 0006 | MTC-00008393
Johnson, Darin | 0001 | MTC-00012865
Johnson, David | 0001 | MTC-00017619
Johnson, David | 0001 | MTC-00031498
Johnson, David C. | 0002 | MTC-00019111
Johnson, David R. | 0001 | MTC-00019608
Johnson, Dolores | 0001 | MTC-00014308
Johnson, Eric | 0001 | MTC-00006846
Johnson, Eve | 0001 | MTC-00008070
Johnson, Francis | 0002 | MTC-00032533
Johnson, Francis E. | 0001 | MTC-00027393
Johnson, Frank | 0001 | MTC-00005419
Johnson, G. Edward | 0001 | MTC-00018332
Johnson, Glenn | 0001 | MTC-00013074
Johnson, Gloriana | 0001 | MTC-00030961
Johnson, Greg | 0002 | MTC-00017138
Johnson, Greg G. | 0001 | MTC-00031838
Johnson, H. | 0001 | MTC-00012084
Johnson, Ian | 0001 | MTC-00025756
Johnson, Jonathan | 0001 | MTC-00019571
Johnson, Joyce | 0001 | MTC-00008934
Johnson, Katherine | 0001 | MTC-00017850
Johnson, Kathleen | 0001 | MTC-00008538
Johnson, Lane | 0001 | MTC-00024227
Johnson, Larry | 0001 | MTC-00003634
Johnson, Larry M. | 0001 | MTC-00011690
Johnson, Mark | 0001 | MTC-00011523
Johnson, Mark | 0002 | MTC-00027525
Johnson, Matthew | 0002 | MTC-00004706
Johnson, Matthew | 0003 | MTC-00005342
Johnson, Matthew | 0002 | MTC-00016620
Johnson, Miles | 0001 | MTC-00019222
Johnson, Peter | 0001 | MTC-00026445
Johnson, Phillip | 0001 | MTC-00002538
Johnson, Robert | 0001 | MTC-00014624
Johnson, Robert | 0001 | MTC-00029038
Johnson, Robin | 0001 | MTC-00016568
Johnson, Rogers | 0001 | MTC-00033708
Johnson, Ronald | 0002 | MTC-00014272
Johnson, Russell | 0001 | MTC-00006664
Johnson, Ryan | 0002 | MTC-00004596
Johnson, Samuel | 0002 | MTC-00023996
Johnson, Scott | 0001 | MTC-00000139
Johnson, Scott | 0001 | MTC-00015023
Johnson, Scott M. | 0002 | MTC-00023297
Johnson, Sean | 0001 | MTC-00012916
Johnson, Stan | 0001 | MTC-00030782
Johnson, Stephen | 0001 | MTC-00002447
Johnson, Sterling | 0001 | MTC-00013868
Johnson, Steven | 0002 | MTC-00027712
Johnson, Steven C. | 0002 | MTC-00033682
Johnson, Steven C. | 0002 | MTC-00033834
Johnson, Susan M. | 0001 | MTC-00033698
Johnson, Ted | 0001 | MTC-00023242
Johnson, Thomas | 0002 | MTC-00030637
Johnson, Thomas | 0002 | MTC-00024601
Johnson, Tom | 0002 | MTC-00016790
Johnson, Tyler | 0001 | MTC-00018415
Johnson, Vaughan | 0001 | MTC-00021862
Johnson, Vel | 0003 | MTC-00016304
Johnson, Wayne | 0001 | MTC-00023538
Johnson, Zach | 0002 | MTC-00019309
Johnson, Zachary | 0002 | MTC-00003023
Johnson-Whitty, Patrick | 0001 | MTC-00004613
Johnston, Dan | 0001 | MTC-00025888
Johnston, Glen | 0002 | MTC-00033661
Johnston, John | 0002 | MTC-00003791
Johnston, John H. | 0002 | MTC-00007831
Johnston, John J. | 0001 | MTC-00005104
Johnston, Larry | 0001 | MTC-00015016
Johnston, Neele | 0004 | MTC-00028818
Johnston, Paul | 0001 | MTC-00031437
Johnston, Paul | 0002 | MTC-00011605
Johnston, R. C. | 0001 | MTC-00008968
Johnston, Sam | 0001 | MTC-00017334
Johnston, Wilbur T. | 0001 | MTC-00021872
john—doe@ bestconsulting.org | 0001 | MTC-00024235
Johonson, David | 0001 | MTC-00019022
Jokerst, Rodney M. | 0001 | MTC-00026129
Joline, Everett | 0001 | MTC-00006189
Jolles, Peter | 0001 | MTC-00018018
Jolly Jr., Dave | 0001 | MTC-00012884
jon Kai@ aol.com | 0004 | MTC-00001527
JonathanGoldblatt@ compuserve.com | 0001 | MTC-00025099
Jones Jr., Marhni, Francis | 0001 | MTC-00030494
Jones, Abby L. | 0002 | MTC-00030095
Jones, Adam | 0002 | MTC-00014997
Jones, Bobby | 0001 | MTC-00015317
Jones, Brian | 0002 | MTC-00011157
Jones, C R. | 0001 | MTC-00020600
Jones, Casey | 0001 | MTC-00030023
Jones, Charles | 0002 | MTC-00010521
Jones, Chris | 0001 | MTC-00017104
Jones, Chris | 0001 | MTC-00012915
Jones, Chuck | 0002 | MTC-00030703
Jones, Clara J. | 0001 | MTC-00026484
Jones, Daniel | 0001 | MTC-00017771
Jones, Daniel | 0001 | MTC-00030424
Jones, Dave | 0001 | MTC-00003392
Jones, Dave | 0001 | MTC-00003400
Jones, Dave | 0002 | MTC-00010095
Jones, David | 0002 | MTC-00000346
Jones, Devon | 0001 | MTC-00017118
Jones, Don | 0001 | MTC-00002311
JOnes, dusty | 0001 | MTC-00015917
Jones, Edwin R. | 0002 | MTC-00026205
Jones, Emerald | 0002 | MTC-00003498
Jones, Eric | 0001 | MTC-00016715
jones, Erick | 0001 | MTC-00025057
Jones, Frieda | 0001 | MTC-00031515
Jones, Gary | 0001 | MTC-00016014
Jones, Gideon | 0001 | MTC-00020875
Jones, Howard | 0001 | MTC-00006309
Jones, James | 0001 | MTC-00015170
Jones, Jeanette | 0002 | MTC-00013707
Jones, Jeff | 0002 | MTC-00017097
Jones, Jim | 0001 | MTC-00005612
Jones, Jimmie | 0001 | MTC-00029876
Jones, John | 0001 | MTC-00020181
Jones, John | 0001 | MTC-00032263
Jones, Justin | 0001 | MTC-00027921
Jones, Kelley | 0001 | MTC-00011459
Jones, Kevin | 0002 | MTC-00002478
Jones, King K. | 0001 | MTC-00010051
Jones, Larry | 0002 | MTC-00003908
Jones, Lewis | 0001 | MTC-00030469
Jones, Lyle | 0001 | MTC-00022993
Jones, Martin | 0001 | MTC-00016063
Jones, Mary B. | 0001 | MTC-00014691
Jones, matthew | 0002 | MTC-00010724
Jones, Michael | 0002 | MTC-00003015
Jones, Peter | 0001 | MTC-00026551
Jones, Peter | 0001 | MTC-00022562
Jones, Philip | 0001 | MTC-00017791
Jones, Phillip D. | 0001 | MTC-00016582
Jones, Raphael L. | 0001 | MTC-00026456
Jones, Richard | 0001 | MTC-00019024
Jones, Robert | 0001 | MTC-00030488
Jones, Robert E. | 0001 | MTC-00002589
Jones, Russ | 0001 | MTC-00006368
Jones, Sherry | 0001 | MTC-00010097
Jones, Steve | 0001 | MTC-00020843
Jones, Steven | 0001 | MTC-00003260
Jones, Thouis | 0001 | MTC-00015662
Jones, Tom | 0002 | MTC-00005031
Jonson, Mike | 0001 | MTC-00006035
Jordan J.C. | 0002 | MTC-00029765
Jordan, Calvin A. | 0002 | MTC-00029960
Jordan, Clinton and Vicki | 0001 | MTC-00029512
Jordan, Elliot | 0001 | MTC-00023535
Jordan, Grahme | 0001 | MTC-00003816
Jordan, James T. | 0002 | MTC-00032111
Jordan, Larry | 0001 | MTC-00025466
Jordan, Michael | 0004 | MTC-00005042
Jordan, Robert | 0002 | MTC-00019372
Jordan, Steve | 0002 | MTC-00031124
Jorgens, Stanton | 0001 | MTC-00029473
Jorgensen, Alan | 0001 | MTC-00009509
Jorgensen, Dave | 0002 | MTC-00028446
Jorgensen, Jerry | 0002 | MTC-00033629
Jorgensen, John | 0001 | MTC-00015257
Jorgenson, Dave | 0001 | MTC-00028290
Jorgenson, Eric | 0002 | MTC-00002347
Jorritsma, Jelle | 0001 | MTC-00019973
josef@ steglobal.net | 0001 | MTC-00004157
Joseph Kanowitz | 0002 | MTC-00019736
Joseph, John G. | 0002 | MTC-00028799
Joseph, Seymour | 0001 | MTC-00001249
josephhwl@ msn.com | 0001 | MTC-00016015
JosephW290@ aol.com | 0001 | MTC-00006870
Josh | 0001 | MTC-00027044
joshthunt@ hotmail.com | 0001 | MTC-00028650
Joslin, Chip | 0001 | MTC-00024236
Joslin, Richard L. | 0001 | MTC-00002765
Joslin, Richard L. | 0001 | MTC-00010315
Jossart, Ivo | 0002 | MTC-00025887
Jouett, John K. | 0001 | MTC-00005673
Joven, Joven | 0002 | MTC-00000123
Joyce, Patrick | 0001 | MTC-00017096
Joyner, Ian | 0001 | MTC-00008491
Jozevuk@ webtv.net | 0001 | MTC-00012824
JPH | 0001 | MTC-00023547
Jr. | 0001 | MTC-00013323
Jrb051469@ aol.com | 0001 | MTC-00014271
jreece@ northstate.net | 0001 | MTC-00011445
Jrq007@ aol.com | 0001 | MTC-00007686
Jrs | 0001 | MTC-00028890
JSB | 0001 | MTC-00007211
Juan, Don | 0001 | MTC-00015667
Jubb, Larry | 0002 | MTC-00012399
Juckowski, Jeff | 0001 | MTC-00025297
Judd, Curtis | 0001 | MTC-00016343
Judd, Rob | 0001 | MTC-00009013
judimoore@ pioneernet.net | 0001 | MTC-00028126
judithregan2000@ yahoo.com | 0001 | MTC-00017213
Judy and Kevin | 0001 | MTC-00008927
Juergens, Adrian | 0001 | MTC-00020597
Juetten, Scott and Rochelle | 0001 | MTC-00007684
Jugan, Dennis | 0002 | MTC-00004563
Juhl, Jesper | 0001 | MTC-00018875
Jules, Darren | 0001 | MTC-00018857
Juliano, Daniel | 0001 | MTC-00016305
Juliano, Mark | 0002 | MTC-00016578
Jump, Theodore A. | 0001 | MTC-00015352
jumpj152@ hotmail.com | 0001 | MTC-00028114
june.allen@ gte.net | 0001 | MTC-00024777
Juneau, Daniel | 0001 | MTC-00031905
Juneke, Dennis | 0002 | MTC-00030702
Jungers, Craig | 0002 | MTC-00003778
Jurgenson, Philip | 0001 | MTC-00015390
Juroff, Daniel | 0001 | MTC-00003585
Juska, Louis | 0001 | MTC-00024540
Justice, Doris | 0001 | MTC-00005840
Justice, John | 0001 | MTC-00017705
Justice, Joseph R. | 0002 | MTC-00027410
Justin | 0001 | MTC-00018844
Justin | 0001 | MTC-00026563
K1eOx@ earthlink.net | 0001 | MTC-00002604
Kaakinen, Teijo | 0002 | MTC-00019522
Kaczmarczyk, Kathy and David | 0002 | MTC-00020532
Kadam, Priyadarshan | 0001 | MTC-00017703
Kadison, Jay | 0001 | MTC-00020994
Kadrie, Todd | 0001 | MTC-00018727
Kaffoon, Eric | 0002 | MTC-00017132
Kafka, Cornelius | 0001 | MTC-00007532
Kahlbaum, Dennis F. | 0001 | MTC-00001806
Kahlbaum, Rob | 0001 | MTC-00023485
Kahler, Doug | 0001 | MTC-00029477
Kahler, Terry | 0001 | MTC-00006085
Kahn, J. | 0001 | MTC-00007929
Kahn,J. | 0001 | MTC-00026084
Kai, Jon | 0001 | MTC-00010268
Kain, Peter | 0001 | MTC-00008245
Kairys, Shams | 0001 | MTC-00029140
Kaiser, Kurt B. | 0003 | MTC-00027409
Kaiser, Susan | 0001 | MTC-00019619
Kajda, George | 0001 | MTC-00009124
Kalabus, Edward | 0001 | MTC-00005118
Kalaydjian, Marty | 0001 | MTC-00001591
Kalbfleisch, Carol and Weider, Laurie C | 0002 | MTC-00029987
Kale, Michael | 0001 | MTC-00018197
Kalich, Frank | 0001 | MTC-00011051
Kalidor, Kimura | 0002 | MTC-00016880
Kallestad, Wayne | 0001 | MTC-00023302
Kalman, Era | 0001 | MTC-00019032
Kalogeras, Joanne | 0001 | MTC-00001309
Kalymon, Alexander | 0001 | MTC-00025168
Kam, M. | 0001 | MTC-00006093
Kamad, Syed | 0001 | MTC-00030066
Kamens, Jonathan | 0001 | MTC-00024454
Kaminski, Dennis | 0001 | MTC-00032268
Kaminski, Verne | 0001 | MTC-00030500
Kamlay Aaron S. | 0001 | MTC-00027953
Kampp, Thomas D. | 0002 | MTC-00013724
Kane, Tom and Sandee | 0001 | MTC-00007540
Kanen1108@ hotmail.com | 0001 | MTC-00010425
Kangas, Corrie A. | 0001 | MTC-00029617
Kanninen, William R. | 0001 | MTC-00009939
Kantarjiev, Chris | 0001 | MTC-00017537
Kanys, Kenneth | 0001 | MTC-00016835
Kao, Justin | 0001 | MTC-00014978
Kapadia, Dharm | 0002 | MTC-00016380
Kapel, Dave | 0001 | MTC-00026955
Kapko, Valerie | 0003 | MTC-00023204
Kaplan, Zach | 0002 | MTC-00026226
Kaplansky, Lazar | 0001 | MTC-00005449
Karakas, David M. | 0001 | MTC-00020245
KaraKash, John | 0001 | MTC-00015661
Karalekas, Steve | 0003 | MTC-00031707
Karam, Rima | 0001 | MTC-00026814
Karas, Joe | 0001 | MTC-00009041
Karbekian, Michael | 0001 | MTC-00009005
karen1108@ hotmail.com | 0001 | MTC-00021970
Karia, Michael | 0001 | MTC-00031393
Karl | 0001 | MTC-00004343
Karl | 0001 | MTC-00023444
Karlsson, Phillip | 0002 | MTC-00022440
Karr, Bob | 0001 | MTC-00026865
Kartchner, Kerry | 0001 | MTC-00022895
Kartio, Doug | 0001 | MTC-00003857
Kartio, Doug | 0001 | MTC-00015715
Kasak, Dan | 0002 | MTC-00003453
Kasik, Ron | 0001 | MTC-00007546
Kasin, Cindy | 0001 | MTC-00010758
Kasper, Brian P. | 0002 | MTC-00004252
Kasperzak, R. Michael Jr. | 0001 | MTC-00009635
Kassan, Eric | 0001 | MTC-00009493
Kasza, Kathy | 0001 | MTC-00019485
Kath, Henry | 0001 | MTC-00029925
Kathan, Dan | 0001 | MTC-00006907
KatherinX@ aol.com | 0001 | MTC-00027201
Katirai, Hooman | 0002 | MTC-00000545
Kattler, Kathleen | 0001 | MTC-00031442
Katz, Aaron | 0002 | MTC-00004627
Katz, Bernard | 0001 | MTC-00010702
Kaufer, Stephen | 0001 | MTC-00019866
Kaufman, Alex | 0001 | MTC-00005146
Kaufman, Bob | 0002 | MTC-00010729
Kaufman, Charles L. | 0001 | MTC-00032569
Kaufman, David | 0001 | MTC-00007672
Kaufman, Irving | 0002 | MTC-00009570
Kaufman, Joseph L. | 0001 | MTC-00003835
Kaufman, Robert L. | 0001 | MTC-00029557
Kay, Al | 0001 | MTC-00007877
Kay, Cnad | 0001 | MTC-00020404
Kay, Franklin | 0001 | MTC-00007081
Kay, Morris | 0001 | MTC-00005141
Kay, Morris | 0001 | MTC-00011661
Kay, Morris | 0002 | MTC-00029606
Kay, Paul | 0001 | MTC-00005513
Kayani, Sohail | 0001 | MTC-00011788
Kayler | 0001 | MTC-00009900
Kayner, Stephen J. | 0001 | MTC-00001334
Kaza, Jason | 0001 | MTC-00018701
Kazarian, Jason Paul | 0001 | MTC-00025137
Kazeef, Mike | 0001 | MTC-00005290
Kazeef, Mike | 0001 | MTC-00025447
Kazimour, Scott | 0001 | MTC-00020116
Kazinsky, C.G. | 0001 | MTC-00008423
Kazmar, Patricia Ann | 0001 | MTC-00031229
Kazmierczak, Matthew | 0001 | MTC-00000379
Kazmierski, Matt | 0001 | MTC-00019059
Kazura, Alexander | 0001 | MTC-00019162
KC | 0002 | MTC-00018572
kconover@ ilcc.cc.ia.us | 0001 | MTC-00028635
Kdjrdenton@ aol.com | 0001 | MTC-00002696
Keady, Christopher S. | 0001 | MTC-00013679
Keane, Paul | 0001 | MTC-00000035
Kearney, Joseph W. | 0001 | MTC-00007364
Kearney, Nick | 0006 | MTC-00014855
Keating, Robert | 0001 | MTC-00005087
Keating, Tom | 0003 | MTC-00031335
Keator, Patricia | 0001 | MTC-00013637
Keckeis, Mark | 0002 | MTC-00011356
Keckis, Mark | 0001 | MTC-00016645
Kedrick, Kevin | 0001 | MTC-00008441
Keefe, Ann | 0001 | MTC-00001237
Keefe, Dana Marie | 0001 | MTC-00024447
Keefe, Edmund A. | 0001 | MTC-00024434
Keegan, David | 0001 | MTC-00019403
Keegan, Laurie J. | 0001 | MTC-00024535
Keelin, John | 0003 | MTC-00000842
Keene, Richard | 0002 | MTC-00033602
Keener, Glen L. | 0001 | MTC-00026545
Keener, John | 0001 | MTC-00005114
Keener, Katherine O. | 0001 | MTC-00031773
keeney, Gregory | 0001 | MTC-00025459
Keeshan, Frank | 0001 | MTC-00008296
Kegel, Dan | 0001 | MTC-00015050
Kegge, Ronald | 0001 | MTC-00005393
Kehayes, barbara | 0002 | MTC-00030447
Kehoe, John | 0001 | MTC-00016319
Kehoe, Miles B. | 0001 | MTC-00010971
Keiser, Tom | 0002 | MTC-00003750
Keist, C.J. | 0001 | MTC-00024304
Keitel, Thomas | 0001 | MTC-00016096
Keiter, Regina B. | 0002 | MTC-00022583
Keiter, Thomas | 0001 | MTC-00024237
Keith, Tim | 0001 | MTC-00017386
Keith, William | 0002 | MTC-00024512
keith@ clingers.com | 0001 | MTC-00014523
Kelleher, Jason | 0002 | MTC-00018116
Kellems, John | 0001 | MTC-00020801
Kellen, Michael | 0001 | MTC-00019421
Keller, C. Faye | 0001 | MTC-00024023
Keller, Casey | 0003 | MTC-00033836
Keller, Casey | 0003 | MTC-00033678
Keller, Criag | 0001 | MTC-00000908
Keller, Edward | 0001 | MTC-00006925
Keller, Emil | 0001 | MTC-00011821
Keller, Jim | 0001 | MTC-00014714
Keller, Larry | 0002 | MTC-00003377
Keller, Ronald | 0002 | MTC-00014631
Kellerman, Chris | 0001 | MTC-00015902
Kelley, David | 0001 | MTC-00024855
Kelley, Dennis | 0003 | MTC-00018590
Kelley, Don | 0001 | MTC-00007335
Kelley, Don | 0001 | MTC-00007318
Kelley, Ken | 0001 | MTC-00016362
Kelley, Leonard | 0001 | MTC-00031147
Kelley, Pat | 0001 | MTC-00017031
Kellogg, barbara | 0001 | MTC-00006518
Kellshrom, Christine M. | 0001 | MTC-00005997
Kelly | 0001 | MTC-00003460
Kelly, Jason | 0002 | MTC-00003980
Kelly, Brian F. | 0001 | MTC-00000413
Kelly, Brian Hamilton | 0001 | MTC-00018847
Kelly, Dan | 0001 | MTC-00015707
Kelly, James | 0001 | MTC-00018561
Kelly, Richard B. | 0001 | MTC-00001044
Kelm., Orie | 0001 | MTC-00007195
Kemfe, Konrad M. | 0001 | MTC-00011636
kemmerz@ home.com | 0001 | MTC-00028171
Kemp, Christopher | 0001 | MTC-00017458
Kemp, Michael | 0001 | MTC-00003652
Kempf, Paul A. | 0001 | MTC-00006050
Kempfe, Kunrad M. | 0001 | MTC-00008259
Kempfert, Vernon | 0001 | MTC-00029986
Kenna, Lee M. | 0001 | MTC-00028330
Kennedy, Bruce | 0001 | MTC-00002496
Kennedy, Carlos | 0001 | MTC-00027814
Kennedy, Dave | 0003 | MTC-00027488
Kennedy, Elizabeth | 0002 | MTC-00024424
Kennedy, Ian | 0002 | MTC-00024916
Kennedy, James P. | 0001 | MTC-00019108
Kennedy, Ken | 0002 | MTC-00026928
Kennedy, Lee | 0002 | MTC-00016058
Kennedy, Michael | 0001 | MTC-00033560
Kennedy, Michael J. | 0001 | MTC-00027501
Kennedy, Neil H. | 0001 | MTC-00008593
Kennedy, R. T. | 0001 | MTC-00012892
Kennedy, Robert | 0001 | MTC-00018031
Kennedy, Sean | 0001 | MTC-00024341
Kennedy, Stephen J. | 0001 | MTC-00027014
Kennedy, Tony | 0001 | MTC-00005560
Kennedy, William | 0001 | MTC-00010961
Kennel, Dave | 0001 | MTC-00003275
Kennell, Richard L. | 0001 | MTC-00027423
Kennen, Vincent | 0002 | MTC-00016548
Kennett, Rick | 0001 | MTC-00025885
Kenney, Donald | 0001 | MTC-00025800
Kenning, Michael | 0001 | MTC-00016459
Kenny III, William J. | 0001 | MTC-00003007
Kenny, Eric | 0001 | MTC-00004491
Kenny, Michael Patrick and Family | 0001 | MTC-00015798
Kent, Derek | 0001 | MTC-00014432
Kent, Derek | 0002 | MTC-00013285
Kent, Ernest | 0001 | MTC-00002801
Kent, Mike | 0001 | MTC-00010317
Kenworthy, Charlotte | 0001 | MTC-00007738
Kenyon, Jack S. | 0001 | MTC-00012868
Kepics, Frank M. | 0001 | MTC-00028502
Kerby, Charles and Catherine | 0001 | MTC-00013694
Kerdig, Brian | 0002 | MTC-00000824
Kerekes, kirk | 0001 | MTC-00021488
Kerin, Britten | 0001 | MTC-00022786
Kerman, Ronald | 0002 | MTC-00014762
Kern, Bud B. | 0001 | MTC-00025423
Kern, Ken | 0001 | MTC-00003929
Kerner, Matt | 0003 | MTC-00016502
Kerner, Sam | 0001 | MTC-00019079
Kerr, Charles | 0001 | MTC-00018148
Kerr, Colynn | 0002 | MTC-00001034
Kerr, Francis | 0001 | MTC-00001462
Kerr, John | 0001 | MTC-00007915
Kersey, Michael | 0001 | MTC-00017820
Kershner, Sherene | 0001 | MTC-00025230
Kerstetter, Bob | 0001 | MTC-00025426
Kerze, Joyce | 0001 | MTC-00033857
Kerze, Joyce | 0002 | MTC-00009634
Keselman, George | 0001 | MTC-00010719
Kesler, John | 0001 | MTC-00019533
Kessler, Charles E. | 0001 | MTC-00007659
Kessler, Evelyn | 0001 | MTC-00028427
Kessler, Jaymin Benjamin | 0002 | MTC-00004690
Kessler, Paul | 0001 | MTC-00008552
Kestenbaum, Lawrence | 0001 | MTC-00017890
Kesting, William R. | 0001 | MTC-00028267
Kestler, Russell | 0001 | MTC-00008853
Keswani, Claude | 0001 | MTC-00014967
Ketcham, Bob | 0001 | MTC-00025948
Ketchel, Frank | 0001 | MTC-00002475
Ketner, Francis | 0001 | MTC-00025554
Ketover, Richard | 0001 | MTC-00006569
Ketoves, Richard | 0001 | MTC-00009804
Ketterer, H. D. | 0001 | MTC-00001969
Kettmann, Greg | 0001 | MTC-00015610
Keultjes, Henry | 0003 | MTC-00028556
Keusemann, Paul | 0001 | MTC-00015453
Kever, Elvin | 0001 | MTC-00005362
KEVINRMCD@ HOTMAIL.COM | 0001 | MTC-00010385
Kewley, Josh | 0002 | MTC-00030709
Key, Jeffrey R. | 0001 | MTC-00017636
Key, Rudy | 0001 | MTC-00029697
Key, Scott | 0002 | MTC-00025438
Keyes, John | 0001 | MTC-00011244
Keys, Adam | 0001 | MTC-00016448
Keys, Tom | 0003 | MTC-00024585
Kfoury, Eric | 0001 | MTC-00029930
kfriesen@ ugmstpaul.org | 0001 | MTC-00015865
Khalsa, Mangala Sadu Sangeet Singh | 0001 | MTC-00014936
Khalsa, Satguru | 0001 | MTC-00026255
Khan, Asmat | 0001 | MTC-00028955
Kiani, Tal | 0002 | MTC-00019091
Kianoff, Lisa | 0003 | MTC-00028835
Kibbe, Sumner | 0001 | MTC-00006947
Kibbe, Sumner | 0001 | MTC-00012748
Kiby, Steve | 0002 | MTC-00028295
Kiciman, Emre | 0001 | MTC-00018634
Kicinski, Stephen | 0001 | MTC-00029909
Kick, Fred | 0001 | MTC-00016026
Kick, M. G. Fred | 0001 | MTC-00004187
Kick, Stephen | 0001 | MTC-00020138
Kickbusch, Joel | 0001 | MTC-00015603
Kicz, Fred M.G. | 0001 | MTC-00008034
Kidd, Jared | 0001 | MTC-00017430
Kidder, Chad | 0001 | MTC-00015930
Kieksi, Lauri | 0002 | MTC-00022799
Kiela, Marek | 0001 | MTC-00032789
Kiela, Marek | 0001 | MTC-00033272
Kienzle, Henry | 0001 | MTC-00006775
Kiewert, Narcissa | 0001 | MTC-00014036
Kihg, M. J. | 0001 | MTC-00020239
Kilgore, Dennis | 0001 | MTC-00031240
Kilgore, Diana | 0002 | MTC-00030863
Kilgore, Kathleen | 0001 | MTC-00030362
Kilhefner, Clark H. | 0001 | MTC-00012575
Killer, Mary J. | 0001 | MTC-00030312
Killian, Shane | 0001 | MTC-00015206
Kilna, Anthony | 0001 | MTC-00003632
Kilna, Anthony | 0001 | MTC-00014881
Kim, Brian J. | 0001 | MTC-00013091
Kim, Howard | 0002 | MTC-00023224
Kim, Ted | 0002 | MTC-00004526
Kim, Won | 0001 | MTC-00015849
Kima, Jon | 0001 | MTC-00010451
Kimball, Ken | 0001 | MTC-00017366
Kimball, Michael T. | 0001 | MTC-00001671
Kimball, Tony | 0002 | MTC-00004709
Kimbrell, Casey | 0001 | MTC-00018548
Kime, Drew | 0001 | MTC-00016261
Kimle, Devin | 0001 | MTC-00031326
Kimmel, Stanley | 0001 | MTC-00030855
Kimmel, Stanley | 0001 | MTC-00011745
Kincaid, Gary | 0001 | MTC-00014178
Kindar, Edile | 0001 | MTC-00031093
Kinder, Fred | 0001 | MTC-00001190
Kindred, Arthur | 0001 | MTC-00007451
Kindzia, Anthony | 0001 | MTC-00024309
Kine, Peter J. | 0001 | MTC-00024401
King, Austin | 0001 | MTC-00003631
King, Cory | 0001 | MTC-00001213
King, D. and Judith | 0001 | MTC-00030135
King, Daniel | 0001 | MTC-00008955
King, Donald | 0001 | MTC-00017805
King, George | 0001 | MTC-00016403
King, Hal | 0001 | MTC-00003907
King, Joe | 0001 | MTC-00025494
King, Judith | 0001 | MTC-00005811
King, Kay | 0001 | MTC-00029869
King, Mark | 0001 | MTC-00029796
King, Michael | 0001 | MTC-00005303
King, Steve | 0001 | MTC-00029912
King-Smith, Oliver | 0002 | MTC-00019551
Kingaby, Jonathan | 0001 | MTC-00004624
Kingsbury, David | 0001 | MTC-00016814
Kingsley, Spike | 0001 | MTC-00019557
Kingston, Doug | 0001 | MTC-00018742
Kink, Frank | 0001 | MTC-00023306
Kinkendall, Creighton | 0001 | MTC-00024026
Kinlund, Conlin | 0001 | MTC-00025760
Kinot, John | 0001 | MTC-00016867
Kinsella, John | 0001 | MTC-00013035
Kintigh, Seth Alan | 0001 | MTC-00023139
Kinzel, Becky T. | 0002 | MTC-00030098
Kinzel, Shawn | 0001 | MTC-00018187
Kinzer, Cheri and Michael | 0001 | MTC-00013973
Kinzie, Mark | 0002 | MTC-00013391
Kinzler, Gordon J. | 0001 | MTC-00007757
Kinzler, Ross | 0001 | MTC-00024739
Kipp, Carl | 0003 | MTC-00028503
Kirby, Eileen | 0001 | MTC-00030319
Kirby, Jim D. | 0001 | MTC-00028730
Kirby, Josh | 0001 | MTC-00015245
Kirby, Mark | 0001 | MTC-00023558
Kirby, Phillip | 0001 | MTC-00005690
Kirby, Raymond | 0002 | MTC-00010635
Kirby, Raymond | 0002 | MTC-00014300
Kirch, Peter | 0001 | MTC-00024014
Kirchner, Ken | 0001 | MTC-00017000
Kirchofer, Holly | 0001 | MTC-00009565
Kirk, Jeffrey | 0001 | MTC-00031062
Kirk, Julie | 0001 | MTC-00008645
Kirk, Michael | 0001 | MTC-00006744
Kirk, Phillip J., Jr. | 0002 | MTC-00031381
Kirk, Tom | 0001 | MTC-00008920
Kirkbride, Brian | 0001 | MTC-00017810
Kirkconnell, Matthew | 0001 | MTC-00016632
Kirkendall, Gregory A. | 0001 | MTC-00016874
Kirkpatrick, James | 0001 | MTC-00011405
Kirkwood, Tom | 0001 | MTC-00011065
Kirsch, Phillip | 0001 | MTC-00030774
Kirshbaum, John | 0001 | MTC-00003758
Kirtley, Bill | 0001 | MTC-00028305
Kiser, Edward | 0001 | MTC-00027328
Kishman, Joseph | 0001 | MTC-00030306
Kisner, David | 0001 | MTC-00014091
Kisner, Ted | 0001 | MTC-00016703
Kiss, Richard | 0001 | MTC-00017018
Kissell, Richard | 0001 | MTC-00029319
Kistler, Howard | 0002 | MTC-00032719
Kit, Jonathan | 0003 | MTC-00031530
Kitchen, Don | 0003 | MTC-00026297
Kittle, Paul A. | 0001 | MTC-00005559
Kittley, Dave | 0001 | MTC-00008002
Kitzmann, Gene | 0001 | MTC-00025476
Kivell, Leo | 0002 | MTC-00025410
Kizer, Phillip | 0001 | MTC-00024436
Kjar, Dave | 0003 | MTC-00000564
Kjo-Rstad, Eivinel | 0001 | MTC-00016056
kjones@ saicapital.com | 0001 | MTC-00024248
kkbrown2 | 0001 | MTC-00021382
Klahn, Robert A. | 0002 | MTC-00020056
Klapp, John | 0001 | MTC-00000142
Klapp, John | 0001 | MTC-00016408
Klappenbach, Doug | 0001 | MTC-00005491
Klassen, Kelly | 0001 | MTC-00031903
Klassen, Mark | 0001 | MTC-00021943
Klatchko, Samuel | 0001 | MTC-00023472
Klausnh@ VolksParts.com | 0001 | MTC-00011442
Klega, Doris | 0001 | MTC-00007606
Kleier, Jorden R. | 0001 | MTC-00017021
Klein, Carla | 0001 | MTC-00005194
Klein, Chaim | 0001 | MTC-00009455
Klein, Charles | 0001 | MTC-00006027
Klein, Edmund J. | 0001 | MTC-00024432
Klein, Michael | 0001 | MTC-00024541
Klein, Mike | 0001 | MTC-00026196
Klein, Sharon | 0002 | MTC-00014475
Klein, Stanley | 0003 | MTC-00025090
Kleinbach, Rod | 0001 | MTC-00017492
Kleinknecht, Carole | 0001 | MTC-00022553
Kleinknecht, David | 0001 | MTC-00013273
Kleinknecht, Glen | 0001 | MTC-00027215
Kleinknecht, Paul W. | 0001 | MTC-00026736
Kleivers, Ann | 0001 | MTC-00031500
Klements, Edward | 0001 | MTC-00006470
Klemm, John | 0002 | MTC-00013903
Klemm, John D. | 0001 | MTC-00007407
Klemm, Todd | 0001 | MTC-00016429
Klemsrud, Jason | 0001 | MTC-00024024
Kletnieks, Valdis | 0001 | MTC-00017997
Klett, Daniel John | 0001 | MTC-00013778
Kleyensteuber, Donald | 0001 | MTC-00026892
Klick, Chris | 0001 | MTC-00013949
Klimer, Joe | 0001 | MTC-00003722
Klindworth, Kris | 0001 | MTC-00025149
Kline, James | 0001 | MTC-00029459
Kline, Richard D. | 0001 | MTC-00013126
Kline, Robert | 0001 | MTC-00027297
Kline, William | 0001 | MTC-00007769
Klinect, Thomas | 0002 | MTC-00031034
Klinect, Thomas J. | 0003 | MTC-00010057
Kling, Herman | 0004 | MTC-00026175
Klingsporn, Geoff | 0001 | MTC-00018793
Klinker, Richard | 0001 | MTC-00011634
KlondikeC@ aol.com | 0001 | MTC-00007525
Klopp, Andrew | 0001 | MTC-00016284
Kloss, Peter | 0003 | MTC-00027979
Klouda, Paul | 0001 | MTC-00020408
Klueber, Bill | 0001 | MTC-00032710
Klug, Kevin | 0001 | MTC-00021562
Klughers, Dorothy | 0002 | MTC-00030513
Kluherz, Robert | 0001 | MTC-00002798
Kluherz, Robert | 0001 | MTC-00019243
Klung, Brad | 0001 | MTC-00031535
Kluthe, Linda | 0001 | MTC-00007387
kmaxwell@ fabio-perini.com | 0001 | MTC-00024821
kmessner@ worldnet.att.net | 0001 | MTC-00021963
Knab, Theodore | 0001 | MTC-00027208
Knapka, Joseph A. | 0001 | MTC-00023035
Knapp, Eloise | 0001 | MTC-00027005
Knapp, Jeff | 0002 | MTC-00024946
Knapp, Richard | 0001 | MTC-00020445
Knecht, Roy | 0001 | MTC-00006983
Kneeland, John | 0001 | MTC-00013116
Kneppar, Stanley | 0002 | MTC-00009157
Kneppar, Stanley | 0001 | MTC-00030854
Kneppar, Stanley R. | 0001 | MTC-00005883
Knepper, Ross | 0002 | MTC-00015469
Kneuper, Jim | 0001 | MTC-00010175
Kngibson@ hotmail.com | 0001 | MTC-00011433
Knickshl | 0001 | MTC-00026107
Knight, Ralph | 0001 | MTC-00029999
Knipp, Eric | 0001 | MTC-00017644
Knittel Mabry, Christie | 0001 | MTC-00031679
Knoblauch, Mariette | 0001 | MTC-00024524
Knobler, Al | 0001 | MTC-00005954
Knoepfel, Walter | 0002 | MTC-00033480
Knohl, Kyle | 0002 | MTC-00014403
Knoll, Jim | 0001 | MTC-00015078
Knoll, Mark | 0002 | MTC-00031678
Knopf, Stephen | 0001 | MTC-00032025
Knotts, Brian | 0001 | MTC-00017039
Knowles, Doug | 0002 | MTC-00001357
Knowlton, Timothy | 0001 | MTC-00022132
Knox, Colin | 0001 | MTC-00018441
Knox, Dan | 0001 | MTC-00031534
Knox, Donald E. | 0001 | MTC-00002400
Knox, John | 0002 | MTC-00013050
Knox, Richard | 0001 | MTC-00023739
Knudsen, Maurice | 0001 | MTC-00009375
Knudstrup, Eric | 0001 | MTC-00018185
Knutson, John | 0001 | MTC-00007036
Knutson, John | 0001 | MTC-00031167
Knutson, Paul | 0001 | MTC-00028583
Kobiec, Alexander R. | 0001 | MTC-00029286
Kobler, Helmut | 0001 | MTC-00013981
Kobrin, Eric | 0002 | MTC-00015067
Koby | 0001 | MTC-00002659
Koch, Gene | 0001 | MTC-00020860
Koch, Greg | 0002 | MTC-00019965
Koch, Rodney | 0001 | MTC-00019289
Kocher, Jordana | 0001 | MTC-00024816
Kocurko, Tony | 0002 | MTC-00004495
Koelder, El Lois | 0001 | MTC-00001769
Koenig, Gerald | 0001 | MTC-00020892
Koenig, Josh | 0001 | MTC-00020168
Koenigsberg, Paul | 0002 | MTC-00017179
Koepcke, Karsten | 0001 | MTC-00004391
Koepcke, Karsten | 0001 | MTC-00010145
Koepcke, Karsten | 0001 | MTC-00012397
Koester, Susie | 0003 | MTC-00024748
Koestler, Jim | 0001 | MTC-00011251
Koether, Diana | 0001 | MTC-00030399
Koetsier, John | 0001 | MTC-00016342
Kofford, Todd | 0001 | MTC-00017825
Koger, John | 0001 | MTC-00016848
Kohan, Shahin | 0001 | MTC-00030793
Kohl, Neil | 0001 | MTC-00028694
Kohl, Thomas | 0001 | MTC-00005642
Kohler, Charles H. | 0002 | MTC-00013950
Kohn, Geoffrey | 0001 | MTC-00005558
Kohrz, Dean | 0001 | MTC-00017813
Kojis, Kathleen | 0001 | MTC-00031025
Kolaci, Brian | 0001 | MTC-00024243
Kolb, Jack | 0002 | MTC-00027860
Kolb, Stephen L. | 0001 | MTC-00022528
Kolden, Lawrence M. | 0001 | MTC-00012804
Kolehmainen, Casey | 0001 | MTC-00020850
Kolmar, Mark | 0001 | MTC-00019007
Kolpies, Timothy | 0001 | MTC-00030366
Koltun, Robert | 0001 | MTC-00029607
Kolurko, Anthony | 0001 | MTC-00030640
Komarek, Paul | 0003 | MTC-00020249
Komarnitsky, Myke | 0001 | MTC-00016282
Konar, Brian | 0001 | MTC-00013739
Konneker, Neal T. | 0001 | MTC-00004437
Koodziejczyk, Konard | 0001 | MTC-00003893
Koodziejczyk, Konrad | 0001 | MTC-00010704
Kopecki, Ron | 0001 | MTC-00009913
Kopf, Robert | 0001 | MTC-00018749
Koplowitz, Virginia | 0001 | MTC-00006379
Kopp, Brian | 0002 | MTC-00007740
Kopp, John | 0002 | MTC-00028530
Kopp, Kerry | 0001 | MTC-00017464
Kopp, Lewis | 0002 | MTC-00025073
Koppe, Brian | 0002 | MTC-00018682
Koralesky, Barron | 0001 | MTC-00024506
Koranda, William F. | 0001 | MTC-00031990
Korb, Phyllis | 0001 | MTC-00018475
Koren, Ted | 0001 | MTC-00026285
Korey, George | 0001 | MTC-00008244
Korman, Jonathan | 0001 | MTC-00018756
Kormanik, Ben | 0001 | MTC-00029723
Kornegay, Michael L. | 0002 | MTC-00004072
Korneggy, Curtis | 0001 | MTC-00014682
Kornet, John | 0001 | MTC-00032090
Kornick, Adam m. | 0001 | MTC-00003605
Koscielny, Al | 0001 | MTC-00004867
Kosnik, Benjamin | 0001 | MTC-00027532
Kossack, Jerry | 0001 | MTC-00031489
Kossler, W. J. | 0001 | MTC-00002373
Kossman, Donald R. | 0002 | MTC-00030757
Koster, Robert | 0002 | MTC-00033395
Kostrzewa, James | 0001 | MTC-00030962
Kosty, Barbara | 0001 | MTC-00006791
Kottal, JL | 0002 | MTC-00025427
Kottmair, Daniel | 0002 | MTC-00002216
Kotyuk, Jerry and Debbie | 0001 | MTC-00014831
Koufos, Peter | 0001 | MTC-00023542
Koutropoulos, Apostolos | 0002 | MTC-00013330
Koutroumanidis, Jordan | 0001 | MTC-00001760
Koutzoumis, Clio | 0001 | MTC-00031089
Kovacs, Don | 0001 | MTC-00010649
Kovacs, Niki | 0001 | MTC-00023909
Koval, Carol | 0001 | MTC-00031441
Koval, John | 0001 | MTC-00031450
Koval, John S. | 0002 | MTC-00032040
Kowalczyk, Richard | 0001 | MTC-00015669
Kowalksi, G. | 0001 | MTC-00011994
Kowell, Bob | 0001 | MTC-00014330
Kozdra, Jason | 0001 | MTC-00009407
Kozimor, Nick | 0001 | MTC-00008125
Kozy, Jeffrey J. | 0001 | MTC-00007570
Krabill, Keith | 0001 | MTC-00015018
Kraemer, Fred and Marie | 0001 | MTC-00009874
Krall, Carl | 0002 | MTC-00002814
Kramer, David | 0001 | MTC-00017519
Kramer, Delores S. | 0001 | MTC-00006599
Kramer, janice | 0002 | MTC-00024894
Kramer, Jeff | 0001 | MTC-00014866
Kramer, Ken | 0001 | MTC-00002825
Kramer, Seth D. | 0001 | MTC-00000435
Krance, Robert | 0001 | MTC-00007962
Krantz, Joe | 0001 | MTC-00006688
Kratzer, Shirley | 0001 | MTC-00030770
Kraurec, Joyce | 0001 | MTC-00008065
Krause, Deborah | 0001 | MTC-00031344
Krausher, Peter | 0001 | MTC-00005724
Krauth, Stephen | 0001 | MTC-00020042
Krayton, Mitch | 0002 | MTC-00018091
Krebser, Kathleen | 0001 | MTC-00031537
Krechmer, Ken | 0001 | MTC-00000296
Krefft, Marina | 0002 | MTC-00019976
Krehbiel, Phyllis | 0001 | MTC-00006457
Kreinbrink, Jim | 0001 | MTC-00004099
Kreitzberg, Fred | 0001 | MTC-00002609
Krejcik, Christian | 0001 | MTC-00032071
Kreps, Jerry | 0002 | MTC-00008954
Kreps, Jerry | 0003 | MTC-00000937
Kreps, Jerry | 0002 | MTC-00004224
Kreuser, Jim | 0002 | MTC-00027673
Krewall, Mel | 0001 | MTC-00024066
Kreymborg, Leo | 0002 | MTC-00014125
Krieger, Keith | 0002 | MTC-00003691
Krieger, William | 0001 | MTC-00003205
Kris, David | 0001 | MTC-00022694
Kris, Lilley | 0002 | MTC-00018280
Krist, Joel | 0001 | MTC-00009063
Kristan, Bill | 0002 | MTC-00018054
Kristjansson, John | 0001 | MTC-00004370
Kroells, Daniel D. | 0001 | MTC-00015435
Krogh, Fred | 0001 | MTC-00003731
Krogh, Steve | 0001 | MTC-00004874
Krogol, R. | 0001 | MTC-00001701
Krohn, Charlie | 0001 | MTC-00000145
Kroll, Dave | 0001 | MTC-00023123
Kroll, John | 0002 | MTC-00016260
Krolosky, Thomas | 0002 | MTC-00033522
Krom, Kyle R. | 0002 | MTC-00018305
Kromer, Philip | 0001 | MTC-00020004
Kromwiede, David | 0001 | MTC-00019845
Kronz, ronald | 0001 | MTC-00015674
Kronz, Ronald | 0001 | MTC-00015749
Kroon, Gail | 0001 | MTC-00007474
Kropf, Jon | 0001 | MTC-00018198
Krough, Jerome | 0001 | MTC-00004840
Krough, Jerome | 0001 | MTC-00019051
Krozser, Kassia | 0001 | MTC-00000451
Krueger, Benjamin | 0001 | MTC-00014954
Krueger, Jon | 0001 | MTC-00022047
Krueger, Ryan | 0001 | MTC-00020224
Krug, Jim | 0001 | MTC-00007223
Krug, Joseph D. | 0001 | MTC-00026294
Kruglov, Volodymeyr | 0002 | MTC-00004572
Krukar, Richard | 0002 | MTC-00017438
Krukin, Jeff | 0002 | MTC-00013359
Krumbach, Alexander | 0002 | MTC-00027121
Krumnon, Shelley | 0002 | MTC-00014419
Krumwiede, Kevin | 0002 | MTC-00027644
Krupa, Kenneth | 0001 | MTC-00003094
Krupuff, Marty | 0001 | MTC-00005629
Kruse, Jake | 0001 | MTC-00012886
Kruth, Harvey | 0001 | MTC-00012065
Krutz, Jamie | 0002 | MTC-00024554
Krvaric, Silvio | 0001 | MTC-00006400
Kshedd@ indy.rr.com | 0001 | MTC-00016030
Ku, Alice | 0003 | MTC-00014469
Kuabbenhaft, Matt | 0002 | MTC-00022879
Kuam, Lloyd | 0001 | MTC-00022800
Kuan, Andrew | 0001 | MTC-00018308
Kubalak, David | 0001 | MTC-00004916
Kucera, Christopher J. | 0001 | MTC-00015622
Kuckock, Scott | 0001 | MTC-00018517
Kuder, David | 0002 | MTC-00023158
Kudla, Robert | 0001 | MTC-00022276
Kuebelbeck, Jason | 0001 | MTC-00014055
Kueneman, Jack | 0001 | MTC-00005864
Kuenning, Geoff | 0001 | MTC-00020201
Kuenzli, Ab | 0001 | MTC-00025768
Kuenzli, Stephen | 0001 | MTC-00020211
Kueppers, William | 0001 | MTC-00019023
Kugler, Joshua J. | 0001 | MTC-00018896
Kuhle, William | 0001 | MTC-00013621
Kuhnemund, Margaret | 0001 | MTC-00031107
Kuhns, Matt | 0002 | MTC-00023740
Kuja, Trance | 0001 | MTC-00026531
Kulaga, Tom | 0001 | MTC-00033260
Kulda, Peter | 0001 | MTC-00010238
Kulina, Marty | 0001 | MTC-00007795
Kulkarni, Nagar | 0001 | MTC-00023480
Kulkis, Aaron R. | 0001 | MTC-00004546
Kulle, Cynthia | 0001 | MTC-00029943
Kumar, Mudit | 0001 | MTC-00006909
Kumpf, John | 0001 | MTC-00004203
Kundert, Bertram | 0001 | MTC-00008282
Kundert, Ken | 0001 | MTC-00033563
Kundert, Ken | 0001 | MTC-00027508
Kundert-Gibbs, John | 0002 | MTC-00004349
Kuntz, David J. | 0001 | MTC-00018648
Kuntz, Shane | 0002 | MTC-00020039
Kunyik, Sandor | 0001 | MTC-00019860
Kunz, Keary | 0001 | MTC-00007704
Kuo, Benjamin P. | 0001 | MTC-00028531
Kupferer, Jean | 0001 | MTC-00013108
Kurek, Mary | 0001 | MTC-00031040
Kurisu, Sensei | 0001 | MTC-00023138
Kurlander, Elaine | 0001 | MTC-00026973
Kushner, Max | 0001 | MTC-00019082
Kuska, Jim | 0001 | MTC-00009103
Kuske, Charles | 0001 | MTC-00026023
Kuster, Andrew | 0001 | MTC-00016561
Kuster, John R. | 0001 | MTC-00022103
Kusterer, Todd | 0002 | MTC-00016614
Kuypers, Jim A. | 0001 | MTC-00002624
Kuzdas, Tommy | 0003 | MTC-00027801
Kvasnak, Alice | 0001 | MTC-00027494
Kvasnak, C. J. | 0001 | MTC-00029453
Kvechler, Kurt A. | 0001 | MTC-00007717
Kwong, Tony | 0002 | MTC-00000505
kwshaeffer@ att.net | 0001 | MTC-00028106
Kyes, Kerry G. | 0001 | MTC-00003250
Kyowva | 0001 | MTC-00025191
L'unique Un | 0001 | MTC-00017970
La Bad, Ken | 0002 | MTC-00029781
La Bounty, Dave | 0002 | MTC-00029328
La Con, Michael | 0001 | MTC-00005819
La Mont, Stephen | 0001 | MTC-00031035
La Raus, Rob | 0001 | MTC-00017197
La Rue, Cameron | 0002 | MTC-00017753
La Vack, Dave | 0002 | MTC-00001713
Laakso, Ben | 0001 | MTC-00015635
Laakso, Mikael | 0001 | MTC-00016274
Labalme, Fen | 0001 | MTC-00018146
Laban, Richard | 0001 | MTC-00005772
Labe, Eric | 0001 | MTC-00001050
LaBonne, Irene M. | 0001 | MTC-00008211
LaBranche, Andre | 0001 | MTC-00013109
Labyak, R. James | 0001 | MTC-00005143
Lacbe, Arthur H. | 0001 | MTC-00026135
Lacey, Gerald G. | 0002 | MTC-00030623
Lacey, Suzanne | 0001 | MTC-00030993
LaChance, Leo | 0001 | MTC-00014690
LaChance, Leo and Joan | 0001 | MTC-00008877
Lachman, Ben | 0001 | MTC-00033364
Lackoff, Patricia | 0001 | MTC-00013533
Laczko, Robert | 0001 | MTC-00025965
Ladd, Anthony | 0002 | MTC-00027388
Ladda, Virginia Napier | 0002 | MTC-00006220
Ladjevardi, Ghassem | 0001 | MTC-00011770
Lafferty, Doris J. | 0001 | MTC-00006933
Laffey, Joe | 0001 | MTC-00016259
Laffingkate@ free-market.net | 0001 | MTC-00011112
LaFramboise, Richard | 0001 | MTC-00011665
LaFrance, John | 0001 | MTC-00001346
Lagaly, Scoot | 0001 | MTC-00023886
LaGarde, Bob | 0001 | MTC-00000112
Laggren, Rufus | 0002 | MTC-00026422
Lagrange, Tyler | 0003 | MTC-00032123
Lahey, Thomas | 0001 | MTC-00000700
Lahr, Shawn | 0001 | MTC-00026641
Laidig, Keith E. | 0001 | MTC-00003678
Laird, R. Milton | 0001 | MTC-00030534
Lairson, Earl | 0001 | MTC-00029769
Laitila, Kathleen | 0001 | MTC-00007673
Lake, Christopher M. | 0002 | MTC-00014700
Lake, Daniel | 0001 | MTC-00015960
Lake, David | 0001 | MTC-00006277
Lake, Sean | 0001 | MTC-00000422
Lake, Sean | 0001 | MTC-00000434
Lake, Sharon | 0001 | MTC-00017235
Lakenan, Bill | 0001 | MTC-00006526
Lakey, Tim | 0001 | MTC-00000350
Lakhavani, Kuamr | 0001 | MTC-00029655
Lalone, James | 0002 | MTC-00004584
LaLone, Jim | 0001 | MTC-00002752
Lama, Samir | 0002 | MTC-00028371
LaMachia, Thomas N. | 0002 | MTC-00014630
LaMaster, Lynne | 0001 | MTC-00013990
Lamb, Jason | 0001 | MTC-00025292
Lamb, Lee | 0001 | MTC-00026328
Lamb, Richard | 0002 | MTC-00024652
Lamb, William | 0001 | MTC-00019859
Lambermont, Hans | 0001 | MTC-00013382
Lambert, David | 0002 | MTC-00003003
Lambert, Mark | 0002 | MTC-00000248
Lambert, Richard | 0001 | MTC-00026030
Lambrecht, Janis | 0001 | MTC-00024021
Lambros, S. | 0001 | MTC-00009647
Lameka, Nolan | 0001 | MTC-00008324
Lameka, Nolan | 0001 | MTC-00027957
Laminack, Brent | 0001 | MTC-00015153
Laming, Tom | 0002 | MTC-00028030
Lamm, James | 0001 | MTC-00004126
Lamone, Chris | 0001 | MTC-00016272
LaMorgese, Robert S. | 0002 | MTC-00017652
Lamparter, Craig | 0001 | MTC-00018331
Lampe, Scott | 0001 | MTC-00029668
Lamuno, Angel | 0001 | MTC-00001985
Lancaster, Rex and Renee | 0001 | MTC-00020589
Lancaster, Rex and Renee | 0001 | MTC-00020591
Lancaster, Robert | 0001 | MTC-00028345
Lance, Bill | 0001 | MTC-00015324
Lanclos, Andrew | 0003 | MTC-00000819
Land, Stephen | 0001 | MTC-00005418
Land, Stephen | 0001 | MTC-00006838
Landau, Charles | 0001 | MTC-00003070
Landau, Charles | 0001 | MTC-00002741
Landau, Charles | 0002 | MTC-00018158
Lander, Scott | 0002 | MTC-00000168
Landero, Aubrey | 0001 | MTC-00028393
Landero, Edith | 0001 | MTC-00028384
Landgrave, Kevin | 0001 | MTC-00031037
Landis, Clay C. | 0001 | MTC-00025722
Landis, David | 0001 | MTC-00020560
Landis, Phillip | 0001 | MTC-00032251
Landis, Phillip D. | 0001 | MTC-00000436
Landon, James | 0001 | MTC-00018014
Landress, Chuck | 0001 | MTC-00006287
Landreth, Jackie | 0002 | MTC-00014277
Lands, Betty | 0001 | MTC-00025605
Lane, Alan | 0002 | MTC-00033463
Lane, Jhana | 0001 | MTC-00025535
Lane, Jon | 0001 | MTC-00006456
Lane, Tom | 0001 | MTC-00008228
Lanfry, Francois | 0002 | MTC-00018889
Lang, Harold J. | 0001 | MTC-00019441
Lang, Jim | 0001 | MTC-00012862
Lang, Juan | 0001 | MTC-00018104
Langan, Leon (Lee) | 0001 | MTC-00018825
Langan, Oliver | 0001 | MTC-00018726
Langariello, Robert | 0001 | MTC-00006282
Langdon, Jason | 0001 | MTC-00010363
Lange, Dennis | 0001 | MTC-00029726
Lange, Donovan | 0001 | MTC-00019263
Lange, Gary | 0001 | MTC-00007434
Lange, Gary C. | 0001 | MTC-00007452
Lange, Georg | 0001 | MTC-00018479
Lange, Harvey | 0002 | MTC-00025547
Lange, Jim | 0001 | MTC-00003785
Lange, Walden A. | 0001 | MTC-00006444
Langedan, Kevin | 0001 | MTC-00032345
Langenberg, W. G. | 0001 | MTC-00006632
Langer, Robert | 0001 | MTC-00027114
Langford, Michael James | 0002 | MTC-00033833
Langford, Michael James | 0002 | MTC-00033685
Langford, Willis | 0002 | MTC-00033581
Langharue, Rick | 0001 | MTC-00020954
Langkov, Linda | 0001 | MTC-00013603
Langley, Joe | 0001 | MTC-00020577
Langley, John | 0001 | MTC-00016152
Langley, Kristen | 0001 | MTC-00022531
Langon, Edward | 0001 | MTC-00005347
Langtry, Nathan Fredrick | 0001 | MTC-00018500
Lanm, Alex | 0001 | MTC-00003788
Lannan, David | 0001 | MTC-00019068
Lansing, Ron | 0001 | MTC-00029466
Lantock, Emily | 0001 | MTC-00031514
Lantsberger, Janet | 0001 | MTC-00007283
Lantz, David | 0001 | MTC-00009909
Lantz, Douglas W. | 0002 | MTC-00028383
Lanus, Juan | 0001 | MTC-00002753
Lanz, Mark | 0001 | MTC-00017642
Lanzner, Robert | 0002 | MTC-00033660
Lanzoni, Paolo | 0001 | MTC-00003140
LaPedis, Ron | 0002 | MTC-00004419
LaPedis, Ron | 0001 | MTC-00010813
lapeer.mindspring | 0001 | MTC-00000358
Lapeyre, Gavin | 0001 | MTC-00001789
Lapham, Jerry | 0001 | MTC-00019843
Lapointe, Thomas | 0001 | MTC-00002733
Lappin, Jennifer | 0001 | MTC-00033843
Laprade, Jay | 0001 | MTC-00016204
LaRacque, Darryl | 0001 | MTC-00030507
Laracuente, Jose | 0001 | MTC-00031541
Largaespada, Ed | 0001 | MTC-00005776
Large, Ron | 0001 | MTC-00006794
Larios, Alexis | 0001 | MTC-00020838
Larka, Jan-Erik | 0001 | MTC-00026880
Larkin, Michael | 0001 | MTC-00025717
Larman, David | 0001 | MTC-00009663
Larmon, Paul | 0001 | MTC-00011494
Larochelle, David Irchard | 0001 | MTC-00028536
Larrimore, James R. | 0001 | MTC-00003959
Larrimore, James R. | 0001 | MTC-00006057
Larrinva, Grace | 0001 | MTC-00011704
larry.james@ crbusa.com | 0001 | MTC-00017223
larry@ euglug,net | 0002 | MTC-00033219
Larse, Gareth | 0001 | MTC-00005969
Larsen, Ben | 0001 | MTC-00025970
Larsen, C. Dean | 0001 | MTC-00028934
Larsen, Dan | 0001 | MTC-00015488
Larsen, Erin | 0002 | MTC-00033450
Larsen, Marjorie | 0001 | MTC-00011117
Larsen, Nathan | 0001 | MTC-00030407
Larsen, Ron | 0004 | MTC-00032119
Larson, Charles R. | 0001 | MTC-00024706
Larson, Chris | 0001 | MTC-00013751
Larson, Chris | 0001 | MTC-00015927
Larson, Connie and Roger | 0001 | MTC-00007963
Larson, Dan | 0001 | MTC-00004148
Larson, Eric | 0001 | MTC-00018358
Larson, Ethan | 0001 | MTC-00023943
Larson, Jacob | 0002 | MTC-00013444
Larson, John | 0001 | MTC-00003287
Larson, Lee | 0001 | MTC-00003056
Larson, Lee | 0001 | MTC-00008348
Larson, Lewis G. | 0001 | MTC-00030899
Larson, Mike | 0002 | MTC-00011056
Larson, Paul | 0001 | MTC-00015611
LaRue, Dong | 0002 | MTC-00017103
Larusson, Tryggri | 0002 | MTC-00021653
Larzgold | 0001 | MTC-00000773
Lashley, John | 0001 | MTC-00031584
Lasiter, Andrew | 0001 | MTC-00017456
Laskey, Bob | 0001 | MTC-00015747
Lassen, Jeremy | 0001 | MTC-00012766
Latham, David D. | 0001 | MTC-00016324
Lathrop, Roger | 0001 | MTC-00010306
Latimer, Richard | 0001 | MTC-00006750
Latour, Rich | 0001 | MTC-00019028
Lattin, Brent | 0001 | MTC-00010122
Latus, Vincent | 0001 | MTC-00006053
Lau, Dorothy | 0001 | MTC-00006485
Lau, Sirena | 0002 | MTC-00029270
Laucius, J. Frederick | 0001 | MTC-00030781
Laud, Matthew | 0001 | MTC-00022870
Lauderman, Joy | 0002 | MTC-00030310
Laudinski, Elmer | 0001 | MTC-00009836
Lauer, Michael | 0002 | MTC-00024387
Lauer, Norris | 0001 | MTC-00017466
Laufersweiler, Jon | 0001 | MTC-00024529
Laugee, Monica | 0001 | MTC-00006873
Laughlin, Page | 0002 | MTC-00024409
Laughlin, Reed | 0001 | MTC-00027587
Laughton, Asa Joy | 0005 | MTC-00002955
Laur, John | 0001 | MTC-00022250
Laureano, Michel | 0001 | MTC-00006584
Laurel, Jim | 0001 | MTC-00007215
Laurence Jr., Maurice | 0001 | MTC-00017288
Laurens, Peter Allen | 0001 | MTC-00022399
LaurieIW@ aol.com | 0001 | MTC-00022580
Lauritzen, Jake | 0001 | MTC-00017697
Lauseng, Cameron | 0001 | MTC-00014402
Lauseng, Cameron | 0001 | MTC-00032955
Lausman, Gary | 0001 | MTC-00026231
Lavandowska, Lance | 0001 | MTC-00022778
Lavbenheimer, Linda | 0002 | MTC-00019803
Laventure, George | 0002 | MTC-00031812
Lavergne, Scott | 0001 | MTC-00019389
Laverne, Jim | 0001 | MTC-00008304
Lavi, Mark | 0003 | MTC-00025837
LaVoie, Jason | 0001 | MTC-00004704
Law, Albert | 0002 | MTC-00016168
Law, Flora and Duncan | 0001 | MTC-00014794
Law, Marilyn | 0001 | MTC-00031776
Law, Queenie | 0001 | MTC-00027267
Lawler, Pamela | 0001 | MTC-00020576
Lawlor, Jake | 0001 | MTC-00032026
Lawlor, Margaret | 0001 | MTC-00007237
Lawn, Donald | 0001 | MTC-00002793
Lawrence, Andy | 0001 | MTC-00017812
Lawrence, Arline | 0001 | MTC-00026015
Lawrence, Brett | 0001 | MTC-00013198
Lawrence, Carol R. | 0001 | MTC-00008298
Lawrence, Chris | 0002 | MTC-00019391
Lawrence, Dallas | 0002 | MTC-00009159
Lawrence, Daniel | 0001 | MTC-00015126
Lawrence, Jennifer E. | 0002 | MTC-00029923
Lawrence, Patrick | 0001 | MTC-00009413
Lawrence, Peter | 0001 | MTC-00003861
Lawson, Aaron | 0002 | MTC-00013753
Lawson, Linda | 0001 | MTC-00026807
Lawson, Maurice | 0001 | MTC-00031179
Lawson, Peter | 0001 | MTC-00017437
Lawson, Todd C. | 0001 | MTC-00023924
Lawyer, Jack | 0001 | MTC-00011570
Lay, James | 0001 | MTC-00029645
Lay, James and Harriet Lay | 0001 | MTC-00025879
Layman, Scott | 0001 | MTC-00024651
Layson, Tom | 0001 | MTC-00010975
Layton, Ryan | 0001 | MTC-00020701
Lazansky, Rick | 0001 | MTC-00025111
Lazarich, C. | 0001 | MTC-00002699
Lazor Sr., David M. | 0003 | MTC-00013998
Lazor, David | 0001 | MTC-00015946
Lazutin, Alex | 0001 | MTC-00028769
Lazutin, Paula | 0001 | MTC-00028703
Lazzaro, John | 0001 | MTC-00013099
LBGARRISON@ aol.com | 0001 | MTC-00007718
LBIFAN@ aol.com | 0001 | MTC-00009012
Lblaze4610@ aol.com | 0001 | MTC-00012800
LDavis3770@ aol.com | 0001 | MTC-00006816
LDLackey@ aol.com | 0001 | MTC-00013827
Le, Hai-Duc | 0001 | MTC-00007245
Leader, Jeremy | 0001 | MTC-00020216
Leads, Linda and Jerry | 0002 | MTC-00031004
League, Paul M. | 0001 | MTC-00010100
Leahy, Dan | 0001 | MTC-00031109
Leahy, James | 0002 | MTC-00031407
Leair, Brian | 0002 | MTC-00027493
Leal, Carlos | 0001 | MTC-00019975
Leamaster, Kristi | 0001 | MTC-00014332
LeaMaster, Kristi | 0002 | MTC-00031696
Leamer, Michael | 0001 | MTC-00013698
Learell, Kevin | 0001 | MTC-00016638
Leary, Jack | 0001 | MTC-00007105
Leary, Mark | 0001 | MTC-00031602
Leary, Mark | 0001 | MTC-00009537
Leary, Rob | 0001 | MTC-00016288
Leathers, Norman | 0001 | MTC-00012523
leathers@ nwlink.com | 0001 | MTC-00007984
Leave, Albert | 0001 | MTC-00009019
Leban, Roy | 0002 | MTC-00005931
Leber, Margaret | 0001 | MTC-00003675
Leber, Tom | 0001 | MTC-00015141
LeBlanc, Don | 0001 | MTC-00033621
LeBlanc, Harry | 0001 | MTC-00008025
LeBlanc, Jon | 0001 | MTC-00016379
LeBlanc, Raymond | 0001 | MTC-00007917
LeCam, Ed | 0001 | MTC-00002470
Lechasseur, Charles | 0001 | MTC-00015224
Ledbetter, Tiffany | 0001 | MTC-00031942
Leddy, Bill | 0003 | MTC-00017361
Ledford, Don | 0001 | MTC-00002935
LeDoux, Davi | 0002 | MTC-00027664
LeDuc, Gregory | 0002 | MTC-00033467
Lee, Andrew | 0001 | MTC-00022094
Lee, C. Chuck | 0001 | MTC-00002358
Lee, Chris | 0002 | MTC-00004653
Lee, Chris | 0005 | MTC-00000266
Lee, Daniel | 0002 | MTC-00026233
Lee, Daniel | 0001 | MTC-00029678
Lee, Donald | 0001 | MTC-00026911
Lee, Evan | 0001 | MTC-00032534
Lee, Fred | 0001 | MTC-00031610
Lee, G. | 0001 | MTC-00005619
Lee, Harry | 0001 | MTC-00025690
Lee, Harry P. | 0001 | MTC-00029566
Lee, HG | 0001 | MTC-00008603
Lee, Jason | 0001 | MTC-00017811
Lee, Jason, R. | 0002 | MTC-00009855
Lee, Leonard | 0001 | MTC-00004105
Lee, Mitch | 0001 | MTC-00018525
Lee, R. E. | 0001 | MTC-00028727
Lee, R.E. | 0001 | MTC-00028737
Lee, Richard | 0001 | MTC-00001155
Lee, Robert | 0001 | MTC-00001075
Lee, Robert | 0001 | MTC-00006645
Lee, Robin L. | 0001 | MTC-00007804
Lee, Sean | 0003 | MTC-00030706
Lee, Seon | 0001 | MTC-00016893
Lee, Stephen | 0001 | MTC-00025615
Lee, Tony | 0001 | MTC-00031747
Lee, Ven | 0001 | MTC-00010506
Leeds, Charles | 0002 | MTC-00001280
Leeds, Clay | 0001 | MTC-00002406
Leeds, Clay | 0001 | MTC-00013047
Leedy, Glenn | 0001 | MTC-00006104
leegj@ home.com | 0001 | MTC-00028198
Lefeburc, Richard | 0001 | MTC-00028921
LeFebvre, Chris | 0001 | MTC-00012792
Leger, Don | 0002 | MTC-00024932
Legg, Kenneth | 0001 | MTC-00019587
Legge, Rick | 0002 | MTC-00027089
Leggett, Lou | 0001 | MTC-00012759
Legue, Michael | 0001 | MTC-00022948
Lehan, Ed | 0001 | MTC-00006611
Lehenbauer, Bear | 0001 | MTC-00017840
Lehnfeld, Betsy | 0002 | MTC-00026899
Lehon, Lester | 0001 | MTC-00006770
Leib, Elaine | 0001 | MTC-00007467
Leiby, Carol | 0001 | MTC-00026007
Leiby, Carol | 0001 | MTC-00007517
Leichner, Richard K. | 0001 | MTC-00009134
Leifeste, Douglas | 0001 | MTC-00009049
Leigh, Ara | 0001 | MTC-00032947
Leighty, Mark D. | 0001 | MTC-00019957
Leigland, Ryan | 0001 | MTC-00017348
Leiman, Alan | 0001 | MTC-00003806
Leinwand, Jeff | 0001 | MTC-00021443
Leinwander, Mark | 0001 | MTC-00003266
Leinwebster, James E. | 0004 | MTC-00027665
Leipprandt, John | 0001 | MTC-00007533
Leiser, Robert | 0001 | MTC-00006042
Leisner, Mary | 0002 | MTC-00027982
Leisz, Dorine | 0001 | MTC-00016924
Leite, Jeff | 0001 | MTC-00005886
lekasper@ att.net | 0001 | MTC-00006633
Leland, Joel | 0002 | MTC-00018759
lem9690@ earthlink.net | 0001 | MTC-00012745
Lembo, Dominick | 0001 | MTC-00007016
Lembree, Rob | 0002 | MTC-00015452
Lemer, Beryl | 0001 | MTC-00031094
Lemieux, Rene E. | 0002 | MTC-00001379
Lemke, Tyler | 0001 | MTC-00018748
Lemmons, Stephen J. | 0002 | MTC-00013419
Lemon, Buford | 0001 | MTC-00016635
Lemon, Jonathan | 0001 | MTC-00026772
Lempert, Frank | 0001 | MTC-00030499
Lenharth | 0001 | MTC-00025254
Lenheim, William | 0001 | MTC-00006824
Lennard, David | 0001 | MTC-00013463
Lennerth, Ralph | 0002 | MTC-00033479
Lennick, Wilbert E. | 0001 | MTC-00025949
Lennox, James | 0002 | MTC-00028582
Lenoce, Richard | 0001 | MTC-00014873
Lenseigne, Tim | 0001 | MTC-00022365
Lentz, David | 0001 | MTC-00000701
Lentz, David | 0002 | MTC-00013073
Lentz, Jane | 0001 | MTC-00030872
Lentz, Robert A. | 0002 | MTC-00027445
Lenz, Nathan | 0001 | MTC-00015337
leo@ ltu.edu | 0001 | MTC-00010863
Leon, George | 0002 | MTC-00018299
Leonard, Bradley G. | 0001 | MTC-00027872
Leonard, Jim | 0001 | MTC-00016225
Leonard, Matt | 0001 | MTC-00016159
Leonard, Scott | 0001 | MTC-00015841
Leonardini, Frances | 0001 | MTC-00007772
Leonczyk, Andrew | 0001 | MTC-00024716
leoslocks | 0001 | MTC-00021555
Lepianka, Tamara | 0001 | MTC-00005696
Leputre, Georges | 0001 | MTC-00015007
Lerner, Daniel | 0002 | MTC-00002873
Lerner, Lynn | 0001 | MTC-00029556
Lesan, Charlotte | 0001 | MTC-00011468
Lesh, Joey | 0001 | MTC-00011427
Lesh, Rich | 0001 | MTC-00017391
Leslie, Don | 0001 | MTC-00011493
Leslie, Jack and DIxie | 0001 | MTC-00025923
Leslie, Jon | 0001 | MTC-00005568
Leslie, Whitman | 0002 | MTC-00033471
Lesnjak, Bill | 0001 | MTC-00008569
Lesot, Damien-Pierre | 0001 | MTC-00026696
Lesseg, Daniel | 0001 | MTC-00006920
Lester, dan | 0001 | MTC-00030187
Lester, Elizabeth | 0001 | MTC-00005277
Lester, Frank | 0001 | MTC-00031732
Lesyha, Larry | 0001 | MTC-00017998
Letcher, Michael | 0001 | MTC-00027226
Leth, William and Janet | 0001 | MTC-00021598
Letson, Leigh | 0001 | MTC-00024320
Letson, Leigh | 0001 | MTC-00024321
Letterman, Susan | 0001 | MTC-00031901
Leuckel, David C. | 0001 | MTC-00002422
Leung, Stanley T. | 0001 | MTC-00006466
Lev, James R. | 0001 | MTC-00017733
Lev-Ari, Edan | 0002 | MTC-00023743
Levanto, Heikki | 0001 | MTC-00014906
Levenberg, Josh | 0001 | MTC-00017686
Levene, Douglas B. | 0001 | MTC-00012855
Levensalor, Anthony | 0001 | MTC-00013895
Leverault, Maurice | 0001 | MTC-00002694
Levett, David | 0002 | MTC-00022422
Levi, Ben | 0002 | MTC-00027389
Levi, Meir | 0001 | MTC-00021873
Levin, Arlen | 0001 | MTC-00002401
Levin, Shanan | 0001 | MTC-00017427
Levin, William | 0001 | MTC-00031311
Levine, Barry | 0001 | MTC-00001303
Levine, Charles | 0001 | MTC-00019409
Levine, Joann | 0001 | MTC-00008057
Levine, Marc | 0001 | MTC-00016730
Levinger, Bud | 0001 | MTC-00010260
Levings, Donald J. Jr. | 0001 | MTC-00031495
Levitt, David | 0002 | MTC-00027925
LEvitt, Paul | 0003 | MTC-00021945
Levitt, Richard | 0001 | MTC-00003259
Leviz, Mark | 0001 | MTC-00015629
Levy, Alex | 0001 | MTC-00018665
Levy, Arlene Marie | 0001 | MTC-00008970
Levy, Cliff | 0002 | MTC-00005340
Levy, Ernie | 0001 | MTC-00031090
Levy, Jack | 0002 | MTC-00009890
Levy, Susan | 0001 | MTC-00007502
Lewan, Douglas | 0002 | MTC-00028001
Lewandowski, Scott | 0001 | MTC-00015570
Lewelling, Kenneth | 0001 | MTC-00015582
Lewin, Alex | 0001 | MTC-00020309
Lewin, John Warner | 0001 | MTC-00028335
Lewis, Ann | 0001 | MTC-00013087
Lewis, Barbara | 0001 | MTC-00002756
Lewis, Bob | 0003 | MTC-00024224
Lewis, Bruce | 0001 | MTC-00001065
Lewis, Corola | 0002 | MTC-00028776
Lewis, Dick | 0001 | MTC-00018890
Lewis, Don | 0001 | MTC-00022543
Lewis, Doug | 0001 | MTC-00000048
Lewis, J em | 0002 | MTC-00025855
Lewis, Joel | 0001 | MTC-00009486
Lewis, John | 0001 | MTC-00000450
Lewis, john | 0001 | MTC-00015261
Lewis, Margaret M. | 0001 | MTC-00009778
Lewis, Mark | 0001 | MTC-00017051
Lewis, Marshall | 0001 | MTC-00016283
Lewis, Paton J. | 0001 | MTC-00024907
Lewis, Ron | 0001 | MTC-00031097
Lewis, Samuel | 0001 | MTC-00007052
Lewis, Scott | 0002 | MTC-00026511
Lewis, Shannon | 0001 | MTC-00005090
Lewis, Simon | 0001 | MTC-00027912
Lewis, Simon | 0001 | MTC-00003360
Lewis, Sue F. | 0001 | MTC-00031388
Lewis, Tanner | 0002 | MTC-00010613
Lewis, Timothy W. | 0001 | MTC-00025723
Lewis, Wilson | 0001 | MTC-00027591
Lewitt, Laurence | 0002 | MTC-00010253
Lewitt, Lawrence | 0001 | MTC-00005651
Lewkowicz, Ania | 0001 | MTC-00010296
Lex, Don | 0002 | MTC-00000120
Lex, Don | 0002 | MTC-00032245
Lezza, Ed | 0001 | MTC-00029725
Lglesias, Gonzalo H. | 0002 | MTC-00014802
lgreen@ busynet.net | 0001 | MTC-00024258
lhack@ ubtanet.com | 0001 | MTC-00028191
Liang, Jeffrey | 0001 | MTC-00010257
Liang, Yuen | 0001 | MTC-00022592
Liang, Z. G. | 0001 | MTC-00007189
Lias, Walter | 0001 | MTC-00029605
Liaw, Lee | 0002 | MTC-00028145
Liban, Gregory A. | 0002 | MTC-00026452
Liberman, Benjamin | 0001 | MTC-00023260
Libo, Grigory | 0002 | MTC-00031151
Liborski, Valeri | 0002 | MTC-00024911
Librandi, Dennis | 0001 | MTC-00007443
Licht, John III | 0001 | MTC-00025209
Lichtenberg | 0001 | MTC-00031835
Lichti, Marcia | 0001 | MTC-00007945
Licon, Greg | 0001 | MTC-00017384
Lie, Hakon Wium | 0001 | MTC-00022547
Lieberman, Steve | 0001 | MTC-00006781
Lieberman, Steve | 0001 | MTC-00025739
Liebezeit, Kurt | 0001 | MTC-00016346
Liebmann, James P. | 0001 | MTC-00033816
Liebowitz, Stan | 0002 | MTC-00024947
Liedtke, Bill | 0001 | MTC-00013351
Lien, Louis | 0001 | MTC-00005753
Liesenfelt, Peter | 0002 | MTC-00028983
Lieske, Jay | 0002 | MTC-00014769
Lifsey, Richard | 0001 | MTC-00023143
Lifsey, Richard | 0001 | MTC-00008658
Lifton, Mitchell | 0001 | MTC-00023228
Liggett, Mark D. | 0001 | MTC-00014351
Lightburn, Peter | 0001 | MTC-00002367
Lightfield, Jacqueline | 0001 | MTC-00004723
Lightsey, John | 0003 | MTC-00004438
Ligon, Ethan | 0001 | MTC-00016532
Liguori, Anthony | 0001 | MTC-00000417
Liles, Jerry B. | 0001 | MTC-00007944
Lill, Bruce | 0001 | MTC-00005048
Lillie, Dale G. | 0002 | MTC-00026847
Lim, Greg | 0002 | MTC-00015702
Lima, Alex | 0001 | MTC-00005299
Limb, Ron | 0001 | MTC-00013902
Lin, Gary | 0002 | MTC-00025594
Lin, Joseph | 0001 | MTC-00028016
Lin, Michael | 0001 | MTC-00001412
Lin, ShuJan | 0002 | MTC-00027905
Linberg, Steve | 0001 | MTC-00015396
Lincoln, Brian | 0001 | MTC-00018653
Lincoln, H. | 0001 | MTC-00019259
Lind, Douglas | 0001 | MTC-00029520
Lindberg, Van | 0002 | MTC-00019345
Lindell, Ross | 0003 | MTC-00031532
Lindeman, Andrew | 0001 | MTC-00009815
Linden, Tracey | 0001 | MTC-00011695
Lindenberg, Barry | 0002 | MTC-00032022
Linder, Larry | 0003 | MTC-00003578
Linder, Paul | 0001 | MTC-00016852
Lindersmith, Jimmie | 0001 | MTC-00013961
Lindgren, Gary | 0002 | MTC-00003545
Lindgren, Gary | 0001 | MTC-00023920
Lindgren, Tracy | 0003 | MTC-00028390
Lindinger, Bob | 0002 | MTC-00008781
Lindinger, Bob | 0002 | MTC-00014379
Lindsay, Alex | 0001 | MTC-00024194
Lindsay, David | 0001 | MTC-00003784
Lindsay, Donald C. | 0001 | MTC-00019642
Lindsay, John H. | 0004 | MTC-00027220
Lindsay, Neal | 0001 | MTC-00027933
Lindsey, Elizabeth | 0001 | MTC-00011097
Lindsey, Jim | 0001 | MTC-00006399
Lindsey, Margaret | 0001 | MTC-00006876
Lindsey, Philip M., C.P.M. | 0001 | MTC-00007893
Lindsey, Scott | 0001 | MTC-00019075
Lineback, Nathan | 0001 | MTC-00026724
Lineberger, Dottie | 0001 | MTC-00031655
Ling, Andrew | 0002 | MTC-00001120
Lingevithc, Joseph | 0001 | MTC-00015924
Lingham, Paul | 0001 | MTC-00011807
Lingo, Charles J. | 0003 | MTC-00024415
Linihger, Larry | 0002 | MTC-00028549
Linke, Steve | 0002 | MTC-00001472
Linker, Bill | 0001 | MTC-00007643
linnco | 0001 | MTC-00007990
Linstid, Chris | 0002 | MTC-00017744
Linville, David | 0001 | MTC-00018560
Lipa, Bill | 0001 | MTC-00016412
Lipofsky, Daniel | 0001 | MTC-00021850
Lipold, Albin | 0001 | MTC-00031665
Lipp, Richard | 0002 | MTC-00017585
Lipper, Mel | 0001 | MTC-00031993
Lippert, Ross | 0001 | MTC-00014985
Lippincott, Robert | 0001 | MTC-00009896
lisbethm | 0001 | MTC-00021400
Liskov, Nathan | 0001 | MTC-00012389
Lisle, Curtis | 0001 | MTC-00024327
Liss, Cynthia | 0001 | MTC-00006158
Listo, Ronald | 0001 | MTC-00004590
Liszewski, David J. | 0001 | MTC-00004745
Litchfield, R. Michael | 0001 | MTC-00020733
Litherland, Josh | 0001 | MTC-00017983
Litt, Steve | 0004 | MTC-00023174
Little Jr., David H. | 0001 | MTC-00029392
Little, George | 0001 | MTC-00029664
Little, Todd | 0001 | MTC-00004325
Liu, Edward | 0001 | MTC-00025356
Liu, Michelle | 0001 | MTC-00026782
Liu, William | 0002 | MTC-00030115
Livesay, David | 0001 | MTC-00019601
Livingston, Gene | 0001 | MTC-00016629
Lizot, Patrick | 0001 | MTC-00009350
Lizotte, Carrie | 0001 | MTC-00031519
lj25seitz@ hotmail.com | 0001 | MTC-00024803
Llewellyn, David | 0001 | MTC-00013918
Llewellyn, Jay | 0006 | MTC-00027295
Llewellyn, Thomas | 0001 | MTC-00011517
LLHubbard@ aol.com | 0001 | MTC-00010403
Lloyd, Eron | 0002 | MTC-00017328
Lloyd, Jack | 0001 | MTC-00026987
Lloyd, James R. | 0001 | MTC-00008443
lmalm@ bsu.edu | 0001 | MTC-00011409
Lntz, Edward S. | 0001 | MTC-00024067
Loagen, Richie | 0003 | MTC-00003704
Lobel, Leslie | 0001 | MTC-00000030
Lobo, Michael | 0001 | MTC-00024223
Locanthi, Baret | 0002 | MTC-00028024
Lochen, Carl | 0003 | MTC-00030628
Lochren, Stephen | 0001 | MTC-00011096
Lock, Steven and Pamela | 0001 | MTC-00008402
Locke, Michael | 0001 | MTC-00013347
Locke, Mr. and Mrs. William G | 0001 | MTC-00032014
Locke, Ralph | 0001 | MTC-00031211
Lockler, Lynn | 0001 | MTC-00006621
Lockner, Jeanne | 0001 | MTC-00030046
Loder, Michael W. | 0001 | MTC-00023074
Loechner, Kevin | 0001 | MTC-00017193
Loeffler, Geoffrey | 0001 | MTC-00014200
Loehr, Joseph | 0001 | MTC-00025166
Loewe, Eldon | 0001 | MTC-00006745
Loewen, Jake | 0002 | MTC-00019302
Loflin, Randy | 0001 | MTC-00011369
Lofmark, Joyce | 0001 | MTC-00005877
Loftis, Ben | 0001 | MTC-00013438
Logan | 0003 | MTC-00004503
Logan, Bryan | 0002 | MTC-00017828
Logan, Jim | 0001 | MTC-00006322
Logan, Lucy | 0001 | MTC-00007543
Logan, Michael | 0002 | MTC-00019510
Logan, Patrick | 0001 | MTC-00018088
Logdill, David | 0001 | MTC-00031533
Loggins, Grace | 0001 | MTC-00016306
Lohman, Les | 0001 | MTC-00000911
Lohmann, Les | 0001 | MTC-00010487
Lohse, Mary Beth | 0001 | MTC-00024425
Lolelace, Irene | 0001 | MTC-00031954
Loli-Queru, Eugenia | 0002 | MTC-00023268
Lolos, Andy | 0001 | MTC-00006595
Lombardo, Adam | 0002 | MTC-00031573
Lona50@ juno.com | 0001 | MTC-00010432
Lonergan, Karen | 0001 | MTC-00007270
Long, Bob | 0001 | MTC-00011793
Long, Chris | 0001 | MTC-00008719
Long, E. Claudine | 0002 | MTC-00030090
Long, Gloria | 0001 | MTC-00030361
Long, Jim L. | 0001 | MTC-00029771
Long, Jim L. | 0001 | MTC-00030489
Long, John | 0001 | MTC-00017780
Long, John C. | 0001 | MTC-00013062
Long, Karawynn | 0001 | MTC-00023528
Long, Kevin | 0001 | MTC-00001321
Long, Michael | 0001 | MTC-00015881
Long, Peggy | 0002 | MTC-00029948
Long, Philip I. | 0003 | MTC-00028326
Longariello, Robert | 0001 | MTC-00007829
Longhurst, James Lewis | 0001 | MTC-00015438
Longhurst, Valden | 0002 | MTC-00026425
Longmeier, J.R. | 0001 | MTC-00008108
Longton, Donna | 0001 | MTC-00006908
Lonnie | 0001 | MTC-00004313
Looijen, Autumn | 0001 | MTC-00019029
Loomis, Anna | 0001 | MTC-00031757
Loomis, David J. | 0001 | MTC-00008775
Looney, David J. | 0002 | MTC-00003022
Lopata, Dave | 0001 | MTC-00015285
Lopata, Kay | 0001 | MTC-00031198
Lopez, Bob | 0001 | MTC-00001679
Lopez, Domingo | 0001 | MTC-00015602
Lopez, Scott | 0001 | MTC-00014976
LoPresti, Patrick J. | 0001 | MTC-00024411
Lord, Clint | 0001 | MTC-00003986
Lorenz, Eric | 0004 | MTC-00015595
Lorenz, Paul | 0001 | MTC-00015676
Lorenz, Ruth | 0001 | MTC-00007164
Lorenz, Staton | 0001 | MTC-00007766
Lorgus, Eric R. | 0002 | MTC-00001830
lori-aulds@ hotmail.com | 0001 | MTC-00017222
LOroake@ aol.com | 0001 | MTC-00023738
Loseth, H. Benjamin | 0001 | MTC-00007247
Loshin, Pete | 0001 | MTC-00016172
Loss, Doug | 0001 | MTC-00015291
Losse, John | 0001 | MTC-00007906
Losso, Kevin | 0001 | MTC-00013134
Lott, Peter | 0002 | MTC-00024665
Lotter, Johan L. | 0002 | MTC-00027972
Lotterman, Ken | 0001 | MTC-00019585
Lottes, Timothy | 0002 | MTC-00001209
Lotus Inn | 0001 | MTC-00007892
Louden, Chris | 0001 | MTC-00015891
Loughlin, Matthew | 0005 | MTC-00023961
Loughman, WD | 0001 | MTC-00023236
Louis, Gary | 0001 | MTC-00007291
louisceli@ aol.com | 0001 | MTC-00015983
Loutzenhiser, Adam | 0002 | MTC-00000778
Lovan, Shea A. | 0001 | MTC-00022537
Love, Jeanette | 0001 | MTC-00024032
Love, R. | 0001 | MTC-00022296
Love, Jerol | 0001 | MTC-00030064
Loveall, Jon | 0001 | MTC-00019936
Loveisky, Charles | 0001 | MTC-00031528
Lovelace, Telly | 0002 | MTC-00033595
Loveland, Liz | 0001 | MTC-00027962
Lovell, Jeffrey | 0001 | MTC-00002349
lovellne@ aol.com | 0001 | MTC-00014545
Loveman, Tom | 0002 | MTC-00001957
Lovemycat@ aol.com | 0001 | MTC-00007692
Loven, Rosemary | 0001 | MTC-00008924
Loveridge, Paul | 0001 | MTC-00014950
Loverling, David | 0001 | MTC-00023993
Lovine, Fred | 0001 | MTC-00015677
Loving, Ben/Joyce | 0001 | MTC-00009907
Low, Donald R. | 0001 | MTC-00006370
Low, Kevin | 0001 | MTC-00004158
Low, Peter | 0001 | MTC-00018428
Low, Robert | 0001 | MTC-00000314
Lowe, David | 0001 | MTC-00004263
Lowe, Khan | 0002 | MTC-00014160
Lowe, Ray | 0001 | MTC-00002302
Lowell, Jim | 0001 | MTC-00007167
Lowell, Joan | 0001 | MTC-00006915
Lowell2@ webbster-prmt | 0001 | MTC-00004116
Lowenstein, Mark | 0001 | MTC-00021294
Lowenthal, Richard | 0001 | MTC-00002202
Lower, Fern | 0001 | MTC-00011398
Lower, Justin | 0001 | MTC-00028511
Lowerthal, Richard | 0002 | MTC-00011903
lowgun@ optonline.net | 0001 | MTC-00016623
Lowney, Fank | 0001 | MTC-00000629
Lowperthwaite, Michael | 0001 | MTC-00021346
Lowrance, John R. | 0001 | MTC-00007759
Lowrey, Frank | 0001 | MTC-00014358
Lowry, Ed | 0006 | MTC-00033296
Lowry, Jeff | 0001 | MTC-00013653
Lowther, Gary | 0001 | MTC-00003044
Loy, Betty | 0001 | MTC-00005532
Loy, Bob | 0001 | MTC-00002787
Loynd, Ricky | 0001 | MTC-00007780
Lozanne, Robert | 0001 | MTC-00014726
LPeterson2@ aol.com | 0001 | MTC-00009654
Lu, Min Hue | 0001 | MTC-00011772
Lubbers, Dick | 0001 | MTC-00010591
Luber, Carol | 0001 | MTC-00005770
Lubin, Joseph | 0001 | MTC-00019968
Luby, Thomas F. | 0001 | MTC-00003910
Luc, Bien | 0003 | MTC-00024627
Lucanov, Sergei | 0001 | MTC-00001994
Lucas, Michael | 0001 | MTC-00014885
Lucas, Robert | 0002 | MTC-00017180
Lucas, Sandra D. | 0001 | MTC-00033620
Lucas, Stephen | 0001 | MTC-00014777
Lucchesi, Nello | 0001 | MTC-00001175
Lucchesi, Ruth A. | 0001 | MTC-00007663
Lucha, James | 0003 | MTC-00023952
Lucha, Jennifer | 0001 | MTC-00010989
Lucio, Tony | 0003 | MTC-00003777
Luck, Dale | 0003 | MTC-00016947
Lucking, Thomas | 0001 | MTC-00022396
Lucky, Dan | 0001 | MTC-00030126
Lucky, Dan | 0002 | MTC-00028951
Ludden, Elizabeth G. | 0001 | MTC-00030412
Ludebrek, Dustin | 0001 | MTC-00025560
Ludlum, Eric | 0001 | MTC-00019077
Ludwig, Howard W. | 0002 | MTC-00026951
Ludwig, Lisa | 0001 | MTC-00028629
Ludwig, Stephen | 0001 | MTC-00013106
Lughaw, Richard | 0001 | MTC-00027636
Luhrs, Bob | 0001 | MTC-00005865
Luikaant | 0001 | MTC-00030538
Lukens, David | 0001 | MTC-00033858
Lukitsch | 0001 | MTC-00012719
Lukshin, Alex | 0002 | MTC-00004621
lulbers | 0001 | MTC-00025197
Lum, Abe | 0001 | MTC-00029371
Lum, Wesley | 0001 | MTC-00007155
Lumbard, Callene | 0001 | MTC-00008278
Lumma, Carl | 0002 | MTC-00000575
Lumpkin, Chad | 0001 | MTC-00015522
Luna, Aquiles | 0001 | MTC-00016575
Luna, Gustavo | 0001 | MTC-00013892
Luna, Richard E. | 0001 | MTC-00001784
Lund, Rob | 0001 | MTC-00009592
Lundahl, Daniel | 0001 | MTC-00031416
Lundell, Bill | 0002 | MTC-00002506
Lundquist, Larry | 0001 | MTC-00011386
Lundquist, Larry | 0001 | MTC-00003932
Lundsgaard, Mary Jane | 0001 | MTC-00006845
Lundstrom, Sim | 0002 | MTC-00026694
Lundy, Mike | 0001 | MTC-00014925
Lung, Samuel S. | 0001 | MTC-00025552
Lunn, Jeremy | 0002 | MTC-00020720
Lunsford, George | 0001 | MTC-00018170
Lunt, Curtis | 0001 | MTC-00019564
Luongo, John | 0001 | MTC-00010514
Lupa, Jonathan | 0001 | MTC-00023903
Lupa, Jonathan | 0001 | MTC-00033396
Lupa, Paul | 0001 | MTC-00015177
Lupinetti, Tom | 0001 | MTC-00030788
Luppino, Nathan | 0001 | MTC-00012536
Lurey, Edward | 0002 | MTC-00030241
Lusardi, Thom | 0001 | MTC-00026939
Luscher, Steven | 0001 | MTC-00001680
Lusk, Daniel | 0001 | MTC-00020832
Lusk, James | 0001 | MTC-00020823
Lusk, John | 0001 | MTC-00015639
Lusk, John | 0001 | MTC-00015658
Lusk, Jonathan | 0001 | MTC-00020831
Lusk, Laurie | 0001 | MTC-00020815
Lusk, Laurie | 0001 | MTC-00020817
Lussier, Kyle | 0006 | MTC-00030650
Lussier, Kyle | 0002 | MTC-00000299
Lussier, Paul | 0002 | MTC-00015384
Lussier, Steve | 0001 | MTC-00008352
Lut, Pig | 0001 | MTC-00006308
Lutfallah, Elias | 0001 | MTC-00016407
Luther, Jay W. | 0002 | MTC-00024703
Luther, Tom | 0001 | MTC-00006017
Luthman, Aaron | 0001 | MTC-00003797
Lutkenhouse, Sean | 0001 | MTC-00027109
Lutz, Norm nmlute@ netscape.net | 0001 | MTC-00000194
Lutz, Zach | 0001 | MTC-00003629
Luzenski, James | 0001 | MTC-00018139
Lvadimir | 0001 | MTC-00015127
Lvann.albertson@ verizon.net | 0001 | MTC-00011314
Lybbert, Max | 0001 | MTC-00000279
Lybyer, Dean E. | 0001 | MTC-00006832
Lyda, Kevin | 0001 | MTC-00004847
Lyday, Robert | 0001 | MTC-00008276
Lyden, Diane | 0001 | MTC-00030329
Lydon, Thos | 0001 | MTC-00002500
Lydon, Thos | 0001 | MTC-00013854
Lykins, Ruth | 0001 | MTC-00009612
lyllacarter@ hotmail.com | 0001 | MTC-00017270
Lyman, Joseph | 0002 | MTC-00016661
Lynch, Anne | 0002 | MTC-00029917
Lynch, Carole | 0001 | MTC-00009575
Lynch, Travis | 0001 | MTC-00022832
Lynn Chuck | 0001 | MTC-00013789
Lynn III, William A. | 0001 | MTC-00020002
Lynn, Ed | 0001 | MTC-00003014
Lynn, Marjorie A. | 0001 | MTC-00011615
Lynn, Robert J. | 0001 | MTC-00000428
Lynne 2 | 0001 | MTC-00003591
Lyon, Cynthia M. | 0002 | MTC-00030466
Lyon, Dave | 0001 | MTC-00016279
Lyon, David | 0001 | MTC-00004820
Lyon, James | 0002 | MTC-00001692
Lyon, Richard | 0001 | MTC-00006023
Lyon, Rick | 0001 | MTC-00014193
Lyons, Ed | 0001 | MTC-00004251
Lyons, GS | 0001 | MTC-00017701
Lysinger, Sam | 0002 | MTC-00004713
Lytle, James W. | 0001 | MTC-00022797
Lytle, Mark | 0002 | MTC-00015737
Lytle, Seth | 0001 | MTC-00017050
Lyu, Seung | 0001 | MTC-00006491
M | 0001 | MTC-00004108
M&T Properties | 0002 | MTC-00030780
M.martwick@ att.net | 0001 | MTC-00008234
Maamouri, Sara | 0001 | MTC-00016765
Maar, Herbert | 0002 | MTC-00030755
Maas, Randy | 0001 | MTC-00029901
Mabb, Ralph | 0001 | MTC-00013436
Mabe, Dale | 0001 | MTC-00006874
Mac Ginitie, Gordon | 0001 | MTC-00026813
Mac Vean, David | 0001 | MTC-00006091
Macaluso, Ameta | 0001 | MTC-00014281
MacArthur, Barbara | 0001 | MTC-00025981
MacArthur, Walter | 0001 | MTC-00016383
MacBride, Lucas | 0001 | MTC-00016223
Maccaro, Joseph | 0001 | MTC-00007897
MacDonald | 0001 | MTC-00013955
MacDonald, Alan | 0001 | MTC-00015121
MacDonald, Allan | 0002 | MTC-00003165
MacDonald, Dave | 0001 | MTC-00015606
MacDonald, Dorothy | 0001 | MTC-00007941
MacDonald, Jean | 0001 | MTC-00014756
MacDonald, Kren | 0001 | MTC-00029931
MacDonald, Lawrence | 0001 | MTC-00008882
MacDonald, Max | 0001 | MTC-00001867
MacDonald, Stephen | 0001 | MTC-00011882
MacDonald, Timothy | 0001 | MTC-00016300
Macdougall, Alan | 0001 | MTC-00014620
MacDuffie, Patty | 0001 | MTC-00005692
Mace, Nathan | 0001 | MTC-00019994
Macey, Jim M. | 0001 | MTC-00029527
MacGinitie, Andrew | 0001 | MTC-00023682
MacGrogan, Robert | 0002 | MTC-00003228
Mach, Roger | 0001 | MTC-00017737
Machaevich, Steven | 0001 | MTC-00024301
Machala, Greg | 0005 | MTC-00004228
Machala, Gregory | 0005 | MTC-00030680
Machemer, Chris | 0001 | MTC-00014882
Mack, John M. | 0001 | MTC-00031178
Mack, Judith A. | 0001 | MTC-00031202
Mackay, Craig | 0001 | MTC-00014199
Mackay, William | 0001 | MTC-00024317
MacKenzie, Drew | 0001 | MTC-00002780
Mackenzie, Mark | 0001 | MTC-00024166
MacKenzie, William | 0001 | MTC-00007874
Mackett, Kevin | 0001 | MTC-00013467
Mackey, Marcus | 0004 | MTC-00013746
Mackie, Curt | 0001 | MTC-00007976
Macknight, Eric | 0001 | MTC-00009847
Macko, John | 0001 | MTC-00014288
MacLea, Kyle S. | 0001 | MTC-00017897
MacLeod, Bryan | 0001 | MTC-00002782
MacLeod, John | 0001 | MTC-00003741
MacManus, Brian | 0001 | MTC-00001668
MacNeal, John | 0001 | MTC-00005378
MacVittie, Cori | 0002 | MTC-00019150
MacVittie, Donald W. | 0001 | MTC-00014452
macworks@ telocity.com | 0001 | MTC-00024504
Maddox, J. Edward | 0001 | MTC-00014156
Maddox, Jonathan | 0001 | MTC-00019999
Maddy, Daniel | 0001 | MTC-00026611
Mader, Greg | 0001 | MTC-00009756
Mader, Greg | 0001 | MTC-00001800
Mader, John | 0001 | MTC-00009255
Mading, Steven L. | 0001 | MTC-00026950
Madison, David Ljung | 0001 | MTC-00004167
Madrid, Javier | 0002 | MTC-00033559
Madrid, Javier L. | 0002 | MTC-00027498
Madrid, Patricia A. | 0001 | MTC-00030427
Madril, Richard | 0002 | MTC-00025528
Madsen, Carol | 0001 | MTC-00009503
Madsen, Craig | 0002 | MTC-00032433
Madsen, Craig | 0002 | MTC-00009734
Mae-Sallee Beals | 0001 | MTC-00013947
maemac@ myexcel.com | 0001 | MTC-00016004
Maffeo, Robin | 0001 | MTC-00011809
Magdsick, Karl A. | 0001 | MTC-00022363
Mage, Dark | 0002 | MTC-00023704
Maggard, Bryan | 0001 | MTC-00024537
Magill, Stephen | 0001 | MTC-00020110
Magnoli, Douglas E. | 0001 | MTC-00020372
Magnus, Jonathan E. | 0002 | MTC-00004074
Magnuson, Roy | 0001 | MTC-00005668
Magnuson, Tony | 0001 | MTC-00024692
Magnussen, Clif | 0001 | MTC-00012015
Magnusson, B. Eric | 0002 | MTC-00002334
Magrie, Joel | 0001 | MTC-00016273
Maguire, Camm | 0001 | MTC-00022068
Magunsson, Baiss | 0001 | MTC-00033823
Mah, Carole E. | 0001 | MTC-00023211
Mahalle@ aol.com | 0001 | MTC-00005741
Mahan, Patrick, R. | 0001 | MTC-00006432
Mahant, Camille | 0001 | MTC-00025903
Mahar, Lawrence | 0002 | MTC-00027108
Maher, Linda | 0001 | MTC-00028742
Mahn, Justin | 0001 | MTC-00014914
Mahn, Justin | 0001 | MTC-00004695
Mahoney, Bert | 0001 | MTC-00001778
Mahoney, Mike | 0001 | MTC-00000392
Mahoney, Patrick | 0001 | MTC-00026393
Mahoney, Thomas | 0001 | MTC-00019529
Mahorain, Naho | 0002 | MTC-00031250
Maicki, Henry | 0001 | MTC-00030048
Maier-Sugg, Ann and Bob | 0001 | MTC-00001010
Maier-Sugg, Anna C. | 0001 | MTC-00004445
Maignan, Didier | 0001 | MTC-00007833
Main, Todd | 0001 | MTC-00013877
Maines, Roy | 0001 | MTC-00006000
Maines, Vivian R. | 0001 | MTC-00007486
mainseq@ thevine.net | 0001 | MTC-00010375
Maiolo, Al | 0001 | MTC-00008247
Majeske, Joseph | 0001 | MTC-00021842
Majewski Jr., Harry | 0001 | MTC-00029551
Major, Sage | 0001 | MTC-00016173
Majors, Forest | 0001 | MTC-00005392
Majors, Georgene | 0001 | MTC-00006740
mak@ tweny.rr.com | 0001 | MTC-00017324
Makara, John | 0001 | MTC-00005246
Maki, Daisuke | 0001 | MTC-00018316
Maki, Jolie | 0001 | MTC-00025257
Malapero, Raymond | 0001 | MTC-00013140
Malarbi, Adrian | 0001 | MTC-00013150
malcom (Art Dept) | 0001 | MTC-00013387
Maldonado | 0001 | MTC-00014466
Maler, Nick | 0001 | MTC-00009763
Maletic, tim | 0001 | MTC-00015460
Malgieri, William | 0001 | MTC-00001218
Maligranda, Ted | 0001 | MTC-00008463
Malin, Andre | 0001 | MTC-00006843
Malin, John | 0002 | MTC-00010155
Malinowski | 0001 | MTC-00032961
Malins, Jeff | 0001 | MTC-00019418
Malish, Josh | 0001 | MTC-00024079
Malixi, Vip | 0004 | MTC-00003800
Mallamo, Richard | 0001 | MTC-00001817
Mallamo, Richard | 0001 | MTC-00003842
Mallard, Virginia | 0001 | MTC-00031651
Mallett, Bruce | 0001 | MTC-00017648
Mallick, earl W. | 0001 | MTC-00030524
Malloroy, Tim | 0001 | MTC-00009897
Mallory, Duan C. | 0001 | MTC-00004054
Malloy, Sean C. | 0001 | MTC-00016579
Malnak, Alan | 0001 | MTC-00004611
Malnak, Alan | 0001 | MTC-00006887
Malneritch, Jim | 0001 | MTC-00026450
Malone, Chris | 0001 | MTC-00029660
Malone, Ray | 0001 | MTC-00012878
Malone, Tim | 0001 | MTC-00019757
Malone, Tom | 0001 | MTC-00016418
Maloney | 0001 | MTC-00007545
Maloney, Evan | 0001 | MTC-00016675
Maloney, Simone | 0001 | MTC-00010404
Malony, Allen D. | 0001 | MTC-00020417
Malson, Rex R. | 0001 | MTC-00011756
Maltley, Joe | 0001 | MTC-00026670
Mammanella, Mike | 0002 | MTC-00029346
mammarob2@ prodigy.net | 0001 | MTC-00024276
Mamon, Mylene | 0002 | MTC-00028457
Mamon, Reynold | 0002 | MTC-00028454
Mamon, Rose | 0001 | MTC-00028460
Mancini, Aldo | 0002 | MTC-00027830
Mandel, David | 0002 | MTC-00033592
Mandli, Kyle | 0001 | MTC-00019250
Manela, Aaron | 0001 | MTC-00016106
Manfradi, Charles and Dolores | 0001 | MTC-00030422
Mangakis, Camille | 0001 | MTC-00008514
Mangiamele, Deborah | 0001 | MTC-00005597
Mangold, Adam | 0001 | MTC-00029892
Manheim, Frank | 0002 | MTC-00000615
manjoine, Christopher | 0002 | MTC-00013371
Mankiewicz, Sam | 0001 | MTC-00019877
Manley, Mark | 0001 | MTC-00019398
Mann, Bruce | 0001 | MTC-00009904
Mann, Daniel | 0001 | MTC-00004633
Mann, Daniel | 0001 | MTC-00004635
Mann, David | 0002 | MTC-00015005
Mann, Virginia | 0001 | MTC-00029884
Mann, Virginia | 0001 | MTC-00027880
Mann, Warren | 0001 | MTC-00003988
Mannes, Deborah | 0001 | MTC-00020834
Manning, Betty | 0001 | MTC-00007202
Manning, Greg | 0001 | MTC-00005097
Manning, John | 0001 | MTC-00002444
Manning, Joseph T. | 0002 | MTC-00013096
Manning, Mark | 0003 | MTC-00002516
Manning, Trevor | 0001 | MTC-00016308
Mannisto, Keith | 0001 | MTC-00015704
Mannix, Joseph R. | 0001 | MTC-00006855
Manojlovich, Joseph | 0002 | MTC-00017095
Manojlovich, Michael | 0001 | MTC-00022444
Manowski, Wolfgang | 0001 | MTC-00005271
Mansager, R | 0001 | MTC-00019929
Mansell, Dan | 0001 | MTC-00030056
Mansmith, J.E. | 0001 | MTC-00031557
Manson-Hing, Richard | 0001 | MTC-00011538
Manto, Joseph V. | 0001 | MTC-00031234
Mants, KEvin | 0001 | MTC-00025032
manuelwc@ manue-associates.net | 0001 | MTC-00028168
Manyaka8@ aol.com | 0001 | MTC-00012048
Manzur, Shafqat | 0001 | MTC-00002168
Maranto, Joe | 0002 | MTC-00010901
Maranzano, Joe | 0001 | MTC-00000018
Marasco, Joe | 0002 | MTC-00025647
Marc | 0001 | MTC-00003967
Marc | 0001 | MTC-00016424
Marca, James | 0007 | MTC-00018728
March, Chris | 0002 | MTC-00014301
Marchand, Frederic | 0001 | MTC-00010732
Marchand, Mary | 0001 | MTC-00029501
Marchesseault, Marcus | 0002 | MTC-00024006
Marciniak, Rick | 0001 | MTC-00026065
Marciniak, Rick | 0001 | MTC-00011599
Marcucci, Elizabeth | 0001 | MTC-00031020
Marcucci, Jayne | 0001 | MTC-00002726
Marcus, Charles | 0001 | MTC-00003184
Marcus, Paul | 0001 | MTC-00015166
Marcus, Vincent | 0001 | MTC-00015874
Mardini, Caleb | 0001 | MTC-00018443
Margione, Carmine | 0001 | MTC-00017626
MARGOFCPA@ aol.com | 0001 | MTC-00014006
Margolious, Bernard | 0001 | MTC-00007566
Mariano, Alice | 0001 | MTC-00007573
Mariano, Ronald | 0001 | MTC-00029932
MArie, Anne | 0002 | MTC-00031099
Marilyn139@ aol.com | 0001 | MTC-00005911
Marin, Eugene | 0002 | MTC-00033601
Marinescu, Dan | 0002 | MTC-00033524
Marinez, Jose | 0002 | MTC-00017960
Marinez, Mario Sr. | 0002 | MTC-00033503
Marino, Liz | 0001 | MTC-00031045
Marisco, Fred | 0001 | MTC-00004362
Mark | 0001 | MTC-00025338
Mark | 0001 | MTC-00024377
Mark | 0002 | MTC-00014924
Mark and Connie | 0002 | MTC-00016285
Mark, Alan | 0001 | MTC-00004838
Mark, Daniel | 0001 | MTC-00014099
Mark, J. | 0001 | MTC-00016141
mark@ sisko.jcs.nasa.gov | 0001 | MTC-00023240
Markellos, Theodore and Elaine | 0001 | MTC-00013586
Marker, Dan | 0002 | MTC-00018863
Marker, Dave | 0002 | MTC-00033577
Markey, Carol | 0001 | MTC-00031121
Markham, Brad | 0006 | MTC-00026122
Markham, Brett | 0002 | MTC-00004822
Markham, Ronald J. | 0002 | MTC-00030443
Markham, Ronald J. | 0002 | MTC-00030463
Marking, Michael | 0003 | MTC-00027367
Markliund, Fred | 0001 | MTC-00031078
Markow, Gregory | 0002 | MTC-00007169
Markowitz, David | 0001 | MTC-00002818
Marks, Ed | 0001 | MTC-00002647
Markson, James | 0001 | MTC-00016139
Markwell, Joel | 0002 | MTC-00002111
Marler, Jan | 0001 | MTC-00010154
Marley, Joseph | 0001 | MTC-00013154
Marlow, Walter | 0001 | MTC-00026741
Marmelstein, Robert E. | 0002 | MTC-00027885
Marola, Anthony | 0001 | MTC-00023781
Marone, Greg | 0001 | MTC-00030997
Maroney, Tim | 0001 | MTC-00000622
Marowski, Wolfgang | 0001 | MTC-00011195
Marquis, Roger | 0002 | MTC-00022890
Marquis, Roger | 0002 | MTC-00032075
Marquis, Ted | 0001 | MTC-00011107
Marquis, Ted | 0001 | MTC-00031129
Marrese, Mary Jo | 0001 | MTC-00007090
Marriott, Bob | 0001 | MTC-00016384
Marsel, Steve | 0002 | MTC-00010645
Marsh, Buzz | 0001 | MTC-00006353
Marsh, Felicity | 0001 | MTC-00013384
Marsh, Felicity | 0002 | MTC-00008967
Marsh, Tom | 0001 | MTC-00001098
Marshall, Bruce | 0002 | MTC-00031842
Marshall, John | 0001 | MTC-00000496
Marshall, Kim | 0001 | MTC-00029933
Marshall, Kim | 0001 | MTC-00029862
Marshall, Robert | 0001 | MTC-00016238
Marshall, Robert | 0001 | MTC-00014601
Marske@ ec.rr.com | 0001 | MTC-00028706
Marsteller, Blair | 0001 | MTC-00012103
Marston, David | 0001 | MTC-00018072
Martak, Michael | 0002 | MTC-00011997
Martar, Thomas C. | 0001 | MTC-00030426
Marti, Don | 0001 | MTC-00023292
Martienssen, Carolyn | 0002 | MTC-00030113
Martin, Al | 0001 | MTC-00004304
Martin, Ben | 0001 | MTC-00029854
Martin, BIll | 0001 | MTC-00001432
Martin, Bill | 0002 | MTC-00004762
Martin, Bill | 0001 | MTC-00002492
Martin, Bill | 0001 | MTC-00004609
Martin, Bob | 0001 | MTC-00012822
Martin, Brian | 0001 | MTC-00015408
Martin, Bruce | 0001 | MTC-00013496
Martin, Charles | 0002 | MTC-00000540
Martin, Charles | 0002 | MTC-00025770
Martin, Charles J. | 0001 | MTC-00018327
Martin, Dan | 0001 | MTC-00022762
Martin, Dean | 0001 | MTC-00029688
Martin, Derek | 0001 | MTC-00015955
Martin, Gene | 0001 | MTC-00032468
Martin, Greg | 0004 | MTC-00018396
Martin, Guy | 0001 | MTC-00030722
Martin, Jerry | 0002 | MTC-00009107
Martin, Jerry | 0001 | MTC-00030857
Martin, Jerry M. | 0001 | MTC-00006414
Martin, Jim | 0001 | MTC-00017872
Martin, Joe | 0003 | MTC-00027578
Martin, John | 0001 | MTC-00017962
Martin, Kevin | 0001 | MTC-00018788
Martin, Richard | 0002 | MTC-00033486
Martin, Richard | 0002 | MTC-00028508
Martin, Robert | 0001 | MTC-00017713
Martin, Simon | 0001 | MTC-00013289
Martin, Stacy | 0001 | MTC-00007492
Martin, Stephen | 0001 | MTC-00023287
Martin, Tiffany | 0001 | MTC-00013713
Martinez, Damian | 0001 | MTC-00018564
Martinez, Douglas | 0002 | MTC-00020227
Martinez, Mario | 0001 | MTC-00022122
Martinez, Stephen | 0001 | MTC-00029853
Martinez, Tino | 0001 | MTC-00022753
Martinusen, Norman | 0001 | MTC-00008428
Marty, Jeffrey | 0002 | MTC-00033642
Marvan, Anthony F. | 0001 | MTC-00008890
Marvel, Michael | 0001 | MTC-00015281
Marvin, Richard | 0001 | MTC-00003553
Marvin, William | 0001 | MTC-00005705
Marx, H. F. | 0001 | MTC-00005256
Marx, Jamie | 0001 | MTC-00019933
Marx, Steven | 0001 | MTC-00024721
Marzian, Al | 0001 | MTC-00003740
Marzolf, Todd | 0001 | MTC-00017803
Masai, Dean | 0001 | MTC-00001678
Maschas, Theo | 0001 | MTC-00001203
Mash@ arizonaeha.org | 0001 | MTC-00002676
Masi, L. Scott | 0001 | MTC-00005622
Masinick, Brian W. | 0001 | MTC-00003004
Masino, Mike | 0001 | MTC-00015054
Maslar, Eugene | 0001 | MTC-00029225
Masnik, Debra | 0001 | MTC-00006303
Mason, Brian | 0001 | MTC-00015646
Mason, Derek | 0002 | MTC-00010608
Mason, Derek | 0002 | MTC-00009809
Mason, Doug | 0001 | MTC-00019500
Mason, Douglas J. | 0001 | MTC-00026483
Mason, George | 0001 | MTC-00013600
Mason, Gerald | 0001 | MTC-00031499
Mason, Joe | 0001 | MTC-00000188
Mason, Pick | 0001 | MTC-00016506
Mason, Robert | 0001 | MTC-00007267
Mason, Scott | 0001 | MTC-00031816
Mason, Todd | 0002 | MTC-00018230
Masoud, Hashen | 0001 | MTC-00020202
Masquith, Michael J. | 0002 | MTC-00009352
Masry, Ally | 0001 | MTC-00031782
Massarene, Kari | 0001 | MTC-00018156
Massengill, Johnny | 0001 | MTC-00018178
Masteller, Patricia E. | 0002 | MTC-00030492
Master, Scald | 0001 | MTC-00009559
Masterman, Beth | 0001 | MTC-00029829
Masterson, Taun | 0001 | MTC-00013456
Mastren, Peter | 0002 | MTC-00016821
Mataya, Mare | 0001 | MTC-00031636
Matchette, Lisa | 0001 | MTC-00006837
matchx@ hhotmail.com | 0001 | MTC-00027470
Mate, Attila | 0002 | MTC-00017794
Mateja, Rob Ann | 0001 | MTC-00014784
Mateja, RobAnn | 0001 | MTC-00004834
Mathes, Teri | 0002 | MTC-00030156
Matheson, Lynette | 0001 | MTC-00010243
Mathews, Jack | 0002 | MTC-00018816
Mathews, Stuart | 0001 | MTC-00003213
Mathias, Glen | 0001 | MTC-00012504
Mathieu, Armand | 0001 | MTC-00018753
Mathisen, Stephanie | 0003 | MTC-00027907
Mathison, Jeffery C. | 0001 | MTC-00023665
Mathur, Ashok N. | 0001 | MTC-00011560
Matias, J. Nathan | 0002 | MTC-00015740
Matis, Mark | 0001 | MTC-00012890
Matisi, Jim | 0001 | MTC-00021135
Matisi, Jim | 0003 | MTC-00021182
Matson, Donald E. | 0001 | MTC-00026658
Matson, Franklin D. | 0001 | MTC-00010509
Matson, Marv | 0001 | MTC-00008332
Matsumura, Miko | 0001 | MTC-00000136
Matsumura, Yosuke | 0002 | MTC-00023527
Matt-MKS@ pobox.com | 0001 | MTC-00014872
matt.gilbert@ pearsoned.com | 0001 | MTC-00024751
Mattern, Mary | 0001 | MTC-00032027
Mattero, Jeffrey A. | 0001 | MTC-00011350
Mattheis, Paul | 0001 | MTC-00003876
Matthews, Doug | 0001 | MTC-00019281
Matthews, Duane | 0001 | MTC-00027946
Matthews, Matt | 0002 | MTC-00026271
Matthews, Robert L. | 0001 | MTC-00010013
Matthews, Ronald | 0001 | MTC-00012041
Matthews, Ronald | 0001 | MTC-00005111
Matthias, Dennis | 0001 | MTC-00010490
Matthiesen, Bill | 0001 | MTC-00023330
Mattice, Charles | 0001 | MTC-00020899
Mattingly, Owen | 0002 | MTC-00033596
Mattix, G. Robert | 0001 | MTC-00016111
Mattox, Linda | 0001 | MTC-00008914
Mattson, Phil | 0001 | MTC-00029730
MAtus, Ed | 0002 | MTC-00022228
Maunsell, Brad and Peggy | 0001 | MTC-00031509
Maupin, Bob | 0001 | MTC-00030448
Mautner, Bev | 0001 | MTC-00011253
Maviue, Francis; Peterson, George; Jones, Bradley; Rogeuss, Mary | 0002 | MTC-00032077
Mawley, Chris | 0001 | MTC-00022310
Max | 0001 | MTC-00024734
Maxey, Glenn | 0005 | MTC-00004222
Maxfield, Wade | 0002 | MTC-00022076
Maxwell, David | 0001 | MTC-00001413
Maxwell, Duane | 0001 | MTC-00020302
MAxwell, Freddie | 0001 | MTC-00030327
Maxwell, John | 0001 | MTC-00004554
Maxwell, Kristen | 0001 | MTC-00016310
Maxwell, Nancy | 0001 | MTC-00013864
Maxwell, Scott | 0002 | MTC-00031940
Maxwell, Scott | 0002 | MTC-00020127
May, Amanda | 0001 | MTC-00029574
May, Charlie | 0001 | MTC-00007903
May, Corey | 0001 | MTC-00018244
May, David | 0001 | MTC-00015640
May, Mike | 0002 | MTC-00025985
May, Nancye | 0001 | MTC-00020859
May, Patrick | 0001 | MTC-00003813
Mayer, Art | 0001 | MTC-00010517
Mayer, Dan | 0001 | MTC-00026073
Mayer, Jonathan | 0002 | MTC-00018318
Mayer, Mike | 0001 | MTC-00006538
Mayers, Josh | 0001 | MTC-00019943
Mayfield, Daniel | 0001 | MTC-00016446
Mayhall, Chris | 0001 | MTC-00008117
Mayhue, R. G. | 0001 | MTC-00003575
Maynard, Chris | 0001 | MTC-00028937
Maynard, Garth | 0001 | MTC-00020587
Maynard, Jay | 0001 | MTC-00019253
Maynard, Tim | 0001 | MTC-00019247
Mayne, Douglas | 0002 | MTC-00008302
Mayoff, Rob | 0001 | MTC-00023282
Mays, Howard | 0001 | MTC-00008774
Mays, James | 0001 | MTC-00023405
Mayson, Steven Lewis | 0002 | MTC-00016043
Mayson, Wendall | 0001 | MTC-00007689
Maytin, Jane R. | 0001 | MTC-00030302
Mazner, Jeremy | 0002 | MTC-00027565
Mazza, Karen | 0001 | MTC-00010527
Mazzella, D.A. | 0002 | MTC-00016943
Mazzoni, Dominic | 0001 | MTC-00000302
MBVath@ aol.com | 0002 | MTC-00014273
Mc Hale, James | 0001 | MTC-00006290
Mc Lauchlin, John | 0001 | MTC-00006502
Mc Lennon, George | 0001 | MTC-00005896
McAdam, Sean | 0002 | MTC-016953
McAllister, Barry | 0001 | MTC-00001212
McAlmont, Adam C. | 0001 | MTC-00013314
McAmis, Ron | 0001 | MTC-00005677
McAndrew, Mary | 0001 | MTC-00031364
McBarnett III, Roe D. | 0001 | MTC-00018600
McBeath, Jim | 0001 | MTC-00018154
McBlain, Neil | 0001 | MTC-00002440
McBride, Aaron | 0001 | MTC-00016219
McBride, Aaron | 0001 | MTC-00000735
McBride, H.D. | 0001 | MTC-00007743
McBride, Mary | 0001 | MTC-00031922
McCabe, Arthur J. | 0001 | MTC-00030790
McCabe, David | 0001 | MTC-00003515
McCabe, Geoffrey | 0004 | MTC-00001733
McCabe, Matt | 0001 | MTC-00002387
McCabe, Patrick | 0001 | MTC-00027616
McCafferty, Marty | 0002 | MTC-00008084
McCafferty, Michael | 0001 | MTC-00016234
McCahey, Bill | 0001 | MTC-00031132
McCall, Kenneth | 0001 | MTC-00023643
McCall, Madison and Dorothy | 0001 | MTC-00007850
McCallum, C. Michael | 0001 | MTC-00018325
McCamey, Marc | 0001 | MTC-00025636
McCann, Eric | 0002 | MTC-00033806
McCann, Joe | 0001 | MTC-00018053
McCarthy | 0001 | MTC-00025857
McCarthy, Campbell | 0001 | MTC-00008527
McCarthy, David | 0001 | MTC-00033842
McCarthy, John | 0001 | MTC-00015262
McCarthy, Kathleen | 0001 | MTC-00008331
McCarthy, Orlene | 0001 | MTC-00014068
McCarthy, Ryan | 0001 | MTC-00000698
McCarthy, Shawn | 0001 | MTC-00018569
McCartney, Dan | 0001 | MTC-00014865
McCartney, James R. | 0001 | MTC-00027841
McCartney, Thomas | 0002 | MTC-00033452
McCarty, Donald | 0001 | MTC-00023328
McCarty, Jeff | 0001 | MTC-00022471
McCarty, M.L. | 0001 | MTC-00006361
McCaslin, Chad | 0002 | MTC-00011106
McCaughey, Ray | 0001 | MTC-00017655
McCay, Joseph | 0001 | MTC-00004682
McClain, Larry | 0001 | MTC-00003554
McClain, Patricia | 0001 | MTC-00007317
McClannan, Edwin | 0001 | MTC-00005591
McClarnon, Harold | 0001 | MTC-00011342
McClaughry | 0001 | MTC-00009286
McClintock, Matthew | 0001 | MTC-00015255
McCloskey, David | 0002 | MTC-00019386
McCloskey, Patrick | 0001 | MTC-00004721
McClure, George | 0002 | MTC-00031081
McClure, Kathie L. | 0001 | MTC-00012073
McClusky, Lucy | 0002 | MTC-00026730
McColeman, Barry | 0001 | MTC-00007438
McCollam, Ronald | 0001 | MTC-00015335
McCombie, Patrick J. | 0001 | MTC-00005989
McCombs, Peter | 0001 | MTC-00019143
McConaghy, Sherri | 0001 | MTC-00016244
McConnell, Alan | 0001 | MTC-00020907
McConnell, Bob | 0001 | MTC-00005555
McConnell, Brian | 0001 | MTC-00011658
McConnell, Michael | 0001 | MTC-00022476
McConnell, Paul | 0001 | MTC-00006554
McConnell, Robert | 0003 | MTC-00028729
McConnell, Walter J. | 0001 | MTC-00018766
McCook, Adair | 0002 | MTC-00030882
McCool, Scott | 0002 | MTC-00022711
McCord, Bob | 0001 | MTC-00013710
MCCord, John H. | 0001 | MTC-00023664
McCord, Zachary | 0001 | MTC-00023758
McCormack, James | 0002 | MTC-00009740
McCormick, Connie | 0001 | MTC-00023127
McCormick, Kegin | 0001 | MTC-00009877
McCormick, Kevin | 0001 | MTC-00023779
McCormick, Scott | 0001 | MTC-00017120
McCourdy, Mike | 0001 | MTC-00030445
McCown, Andrew | 0001 | MTC-00016457
McCoy, James | 0001 | MTC-00028915
McCoy, Kevin | 0001 | MTC-00028762
McCoy, Ray | 0001 | MTC-00005880
McCoy, Robin | 0001 | MTC-00026278
McCoy, Terry | 0001 | MTC-00003271
McCraw, Chris | 0001 | MTC-00017835
McCreary, Alex | 0002 | MTC-00003423
McCreevy, Scott | 0001 | MTC-00009006
McCroskey, William | 0002 | MTC-00003561
McCrosson, Joseph | 0001 | MTC-00011678
McCrum, David | 0001 | MTC-00002637
McCue, Dave | 0001 | MTC-00000419
McCullen, George | 0001 | MTC-00004504
McCulley, Lucille M. | 0001 | MTC-00030148
McCulley, Lucille M. | 0002 | MTC-00030627
McCulloch, Peter | 0001 | MTC-00033633
McCullough, Robb | 0001 | MTC-00007698
McCullough, Sean M. | 0001 | MTC-00014940
McCullough, Wayne | 0001 | MTC-00015732
McCune, Cynthia A. | 0001 | MTC-00028381
McCune, Mike | 0001 | MTC-00009126
McCure, Sean | 0001 | MTC-00014999
McCusker, Jim | 0001 | MTC-00015762
McCutcheon, John | 0001 | MTC-00016482
McDaniel, Devon | 0001 | MTC-00018731
McDaniel, Jack | 0001 | MTC-00005526
McDaniel, Kevin | 0002 | MTC-00027932
McDermott-Wells, Pat | 0003 | MTC-00025167
McDermott-Wells, Patricia | 0002 | MTC-00030406
McDole, John V. | 0001 | MTC-00006445
McDonald, Carol | 0001 | MTC-00011339
McDonald, D. | 0001 | MTC-00014431
McDonald, David | 0001 | MTC-00025401
McDonald, Debra | 0001 | MTC-00028973
McDonald, Jim | 0001 | MTC-00016441
McDonald, John | 0001 | MTC-00013997
McDonald, Kenneth | 0001 | MTC-00019005
McDonald, Kyle | 0001 | MTC-00019595
McDonald, Louis | 0001 | MTC-00024342
McDonald, Louis R. | 0001 | MTC-00007339
McDonald, Patrick | 0001 | MTC-00023207
McDonald, Patrick | 0001 | MTC-00001553
McDonald, Patrick | 0001 | MTC-00004424
McDonald, Peter | 0002 | MTC-00027947
McDonald, T. J. | 0001 | MTC-00012782
McDonough, William | 0001 | MTC-00030784
McDowell, Anthony | 0003 | MTC-00015455
McEnaney, Casey | 0001 | MTC-00014991
Mcenter, Mike | 0001 | MTC-00030775
McFadden, Brian | 0001 | MTC-00016624
McFadden, Ken | 0001 | MTC-00010856
McFadden, Kevin | 0002 | MTC-00018249
McFarland, Bruce | 0001 | MTC-00017478
McFarling, Bruce | 0002 | MTC-00003398
McGarry, Gayle | 0001 | MTC-00026096
McGee, Dale | 0001 | MTC-00022514
McGee, Mark | 0001 | MTC-00027861
McGergor, Duncan P | 0001 | MTC-00030825
McGill, Christine C. | 0001 | MTC-00014748
McGill, Tim | 0001 | MTC-00024025
McGinnis, Timothy | 0003 | MTC-00027652
McGlaughlin, Jeffrey A. | 0001 | MTC-00024218
McGlothlen, Ken | 0002 | MTC-00004154
McGonagle, Michael | 0001 | MTC-00019898
McGooley, Scott | 0001 | MTC-00019639
McGough, Eric | 0001 | MTC-00019098
McGovern, Amy | 0002 | MTC-00003752
McGowen, Brian | 0001 | MTC-00002351
mcgranew@ krouse. com | 0001 | MTC-00017251
McGrath, Brian | 0001 | MTC-00014184
McGrath, Charles | 0002 | MTC-00005765
McGrath, Jim | 0001 | MTC-00006532
McGraw, Chris | 0001 | MTC-00023703
McGreal, Martin P. | 0001 | MTC-00028332
McGregor | 0001 | MTC-00005679
McGregor, Duncan | 0001 | MTC-00008651
McGrew, Clark | 0001 | MTC-00017603
McGrew, Sean and Charlene | 0001 | MTC-00026889
McGuigan, Jane | 0001 | MTC-00011579
McGuinness, Greg | 0001 | MTC-00007033
McGurrin, Jim | 0001 | MTC-00011283
McHale, Michael | 0001 | MTC-00022681
McHenry, Michael | 0001 | MTC-00017370
McHenry, Patrick | 0001 | MTC-00033731
McHugh, Aaron | 0001 | MTC-00028289
McHugh, Brian | 0001 | MTC-00004486
McHugh, Harry | 0002 | MTC-00013913
McHugh, Joseph | 0001 | MTC-00008859
McHugh, Patrick E. | 0001 | MTC-00001396
McIlwain, Vikki | 0001 | MTC-00007305
McIntosh, Clint | 0001 | MTC-00020883
McIntosh, Rick C. | 0001 | MTC-00002869
McIntyre, John | 0001 | MTC-00030044
McIntyre, Michael | 0001 | MTC-00013782
McKamey, Jonathan | 0001 | MTC-00021827
McKay, Brent | 0002 | MTC-00033626
McKay, John | 0001 | MTC-00001582
McKay, Mark | 0001 | MTC-00011276
McKee, Andy | 0001 | MTC-00024754
Mckee, John | 0002 | MTC-00003560
McKee, William | 0001 | MTC-00017045
McKenna | 0001 | MTC-00016452
McKenna, Bob | 0002 | MTC-00025705
McKenna, Douglas | 0001 | MTC-00030648
McKenna, Sean | 0001 | MTC-00019541
McKenna, Warren | 0001 | MTC-00025415
McKenna, Will | 0001 | MTC-00016628
McKenna, William | 0001 | MTC-00028855
McKenzie, Andrew | 0001 | MTC-00026536
McKenzie, Bruce F. | 0001 | MTC-00009802
MCKenzie, Jill | 0001 | MTC-00021699
McKenzie, Kevin | 0001 | MTC-00019854
McKeon, David | 0001 | MTC-00000731
McKigney, Darrell and Keating, Raymond | 0003 | MTC-00025031
Mckigney, Oassell & Keating, Raymond | 0003 | MTC-00030375
McKim, Patrick | 0001 | MTC-00011383
McKimmen, Larry | 0001 | MTC-00029949
McKinlay, George | 0001 | MTC-00001349
McKinney, Donovan R. | 0003 | MTC-00019970
McKinney, Nick | 0001 | MTC-00017252
McKirstry, Cary | 0001 | MTC-00020040
McKnight, Charles | 0001 | MTC-00000830
McKnight, Nick | 0001 | MTC-00027607
McLachlan, Bert | 0004 | MTC-00030858
McLain, Lee | 0001 | MTC-00003610
McLanahan, Bruce | 0002 | MTC-00021642
McLaren, Richard | 0001 | MTC-00029858
McLaughlin, Emilie | 0001 | MTC-00020807
McLaughlin, Joe and Pam | 0001 | MTC-00031913
McLaughlin, Mike | 0001 | MTC-00019932
McLaughlin, Randy | 0002 | MTC-00018410
McLaughlin, Ted | 0002 | MTC-00000061
McLaury, Ian | 0001 | MTC-00015564
McLay, Michael | 0001 | MTC-00004279
McLay, Michael | 0002 | MTC-00028023
McLean, Bob | 0002 | MTC-00003593
McLean, Lee J. | 0001 | MTC-00001700
McLendon, T. C. | 0001 | MTC-00005721
McLendon, William W. | 0001 | MTC-00028344
McLennon, George | 0002 | MTC-00010748
McMackin, Charles | 0001 | MTC-00015998
McMahon, David | 0002 | MTC-00028377
McMahon, Donald | 0001 | MTC-00008903
McMahon, Mike | 0001 | MTC-00002540
McMahon, Patrick | 0001 | MTC-00017482
McMahon, Richard | 0001 | MTC-00015451
McMahon, TOm | 0001 | MTC-00011524
McMAnus, John | 0001 | MTC-00031540
McManus, Stephan | 0001 | MTC-00019979
McManus, Ted | 0001 | MTC-00016269
McMillan, Jeremy | 0001 | MTC-00016165
McMillen, Debbie | 0001 | MTC-00005656
McMorrow, robert | 0001 | MTC-00020297
McMullen, Bren | 0001 | MTC-00000934
McMullen, Fred | 0002 | MTC-00020368
McMullen, Robin | 0001 | MTC-00009772
McMullen, Scott | 0002 | MTC-00021020
McMullen, Tim | 0001 | MTC-00010814
McMunn, Jerry | 0001 | MTC-00002655
McMunn, Larry | 0001 | MTC-00001546
McMurrary, Bob | 0002 | MTC-00000693
McNair, John | 0004 | MTC-00027350
McNairy, Scott | 0001 | MTC-00006021
McNall, Kristen | 0001 | MTC-00019377
McNally, Mac | 0001 | MTC-00010942
McNamara, Catherine | 0001 | MTC-00030520
McNamara, David M. | 0001 | MTC-00029790
McNamara, Dennis R. | 0001 | MTC-00007544
McNamee, Dylan | 0001 | MTC-00016088
McNeal, Robert | 0002 | MTC-00002000
McNeany, Michael | 0001 | MTC-00016421
McNeany, Michael | 0001 | MTC-00017546
McNeely, Thomas | 0001 | MTC-00022507
McNeil, Anna | 0001 | MTC-00010532
McNeil, Matthew | 0001 | MTC-00023222
McNeill, Robert | 0001 | MTC-00000383
McNeill, Robert | 0001 | MTC-00018571
McNew, Ronald | 0001 | MTC-00018764
McNicholas, Stpehen | 0001 | MTC-00018998
McPherson, Bart | 0001 | MTC-00017276
McPherson, James | 0001 | MTC-00022754
McPherson, Scott J. | 0001 | MTC-00006547
McQuaid, Mick | 0003 | MTC-00028824
McQueen, Sally | 0001 | MTC-00008416
McQueeny, Chris | 0001 | MTC-00005971
Mcquigg, Del. Michele B | 0002 | MTC-00030220
McQuigg, Del. Micile B. | 0002 | MTC-00030328
McQuillan, John | 0002 | MTC-00025882
McRae, Noel | 0001 | MTC-00002064
McSheehy, James | 0001 | MTC-00001761
McVarish, Mary Alice | 0002 | MTC-00026600
McVicker, Roger | 0001 | MTC-00007274
McWeeney, Mel | 0002 | MTC-00004788
McWilliams, Garrett | 0002 | MTC-00019950
mdw@ swoodinc.com | 0001 | MTC-00001562
Mead, Donald | 0001 | MTC-00025790
Mead, Harold | 0001 | MTC-00000650
Mead, Ken | 0001 | MTC-00005391
Mead, Kenway | 0001 | MTC-00029563
Mead, Sheila | 0001 | MTC-00019373
Meador, Donald | 0002 | MTC-00010638
Meadows, J.D. | 0001 | MTC-00000305
Meanig, Seth | 0001 | MTC-00028844
Mearle | 0001 | MTC-00014698
Mechan, Eric | 0002 | MTC-00030091
Meckley, Richard | 0002 | MTC-00013556
Medberry, David | 0001 | MTC-00016509
Medbery, Nathan | 0001 | MTC-00020063
Medin, David | 0001 | MTC-00028902
Medina, Victor | 0001 | MTC-00021807
Medlock, C. W. | 0002 | MTC-00032330
Medlock, Cleburne | 0002 | MTC-00032104
Medway, John J. | 0001 | MTC-00023109
Meehan, Toby | 0001 | MTC-00000791
Meek, Derek | 0001 | MTC-00002914
Meekler, Michael | 0001 | MTC-00016559
Meese, Carl | 0001 | MTC-00003783
Megacz, Adam | 0001 | MTC-00017893
Meginnes, Matthew | 0001 | MTC-00022809
Megverditchian, Armen | 0001 | MTC-00009514
Mehaffey, Jay | 0001 | MTC-00019392
Mehl, Christina | 0001 | MTC-00013595
Mehta, Prakasdh | 0001 | MTC-00005966
Meier, Andrew A. | 0001 | MTC-00019620
Meier, John | 0001 | MTC-00012889
Meijer, Marco | 0001 | MTC-00018213
Meinfelder, Edmond | 0001 | MTC-00000860
Meins, Charles | 0001 | MTC-00020916
Meisberger, Raymond | 0002 | MTC-00030246
Meixner, Paul | 0002 | MTC-00015852
Melby, Jeff | 0001 | MTC-00017150
Melchner, Mel | 0001 | MTC-00014185
Meldrich, Joe | 0002 | MTC-00010222
Melillo, Larry | 0001 | MTC-00024633
Melin, Melvin R. | 0001 | MTC-00006687
Mellem, Marvin | 0002 | MTC-00001828
Mellema, James | 0002 | MTC-00010757
Mellen, Ruth | 0001 | MTC-00029934
Melli, Alex | 0002 | MTC-00007730
Mello, Roberto | 0001 | MTC-00020290
Mellon, Seth | 0002 | MTC-00018232
Melody, Patrick | 0003 | MTC-00033571
Melody, Patrick | 0003 | MTC-00027531
melody@ bellsouth.net | 0001 | MTC-00028630
Melstronm, John W. | 0001 | MTC-00031425
Melton, Connie | 0002 | MTC-00014278
Melton, Jeffrey | 0001 | MTC-00003916
Melton, Robert | 0001 | MTC-00016968
Melton, Terry | 0001 | MTC-00016729
Meltzer, Cathy | 0001 | MTC-00022496
Meltzer, Dave | 0001 | MTC-00011625
Melville, Colin | 0001 | MTC-00016089
Melvin, Melissa | 0002 | MTC-00028977
Melvin, Patricia | 0001 | MTC-00030405
Members of Washington House of Representatives | 0002 | MTC-00031798
Menardi, Peter | 0002 | MTC-00033418
Menary, Michael | 0001 | MTC-00003808
Menchini, Peter | 0001 | MTC-00010656
Mencik, Stephen | 0001 | MTC-00016037
Mendoza, Ken | 0001 | MTC-00001886
Mendra, Dramen | 0001 | MTC-00005068
Mendros, Stauros J. | 0001 | MTC-00029578
Meng, Eric | 0001 | MTC-00006078
Menifree, Elijah | 0001 | MTC-00019043
menoud, jean-Michel | 0001 | MTC-00007890
Mensch, Tom | 0001 | MTC-00017521
Menzel, Chris | 0001 | MTC-00004037
Mercado, Hector | 0001 | MTC-00017901
Merced-Ownbey, Doralyn J. | 0001 | MTC-00021060
Mercer, Jinx | 0002 | MTC-00014626
Merchant, Ron | 0001 | MTC-00011914
Mercier, Raymond | 0001 | MTC-00010197
Meredith, Justin | 0001 | MTC-00028538
Merges, Palmarin | 0001 | MTC-00009933
Merida, Oscar | 0001 | MTC-00015878
Merisow, Sheldon L. | 0001 | MTC-00030753
Meritt, Raymond and Barbara | 0002 | MTC-00030429
Meriwether, Dan | 0001 | MTC-00017639
Meriwether, David | 0001 | MTC-00017026
Merklin, Deborah | 0001 | MTC-00005719
Merkovich, Justin | 0001 | MTC-00025249
merr-lynn@ msn.com | 0001 | MTC-00012754
Merrell, Ronald | 0001 | MTC-00005652
Merrick, Michael F. | 0001 | MTC-00025264
Merrill, D. J. | 0001 | MTC-00022974
Merrill, David C. | 0002 | MTC-00019101
Merrill, Gene | 0001 | MTC-00016862
Merritt, Eric | 0007 | MTC-00015328
Merritt, Gene E. | 0001 | MTC-00028895
Merritt, Raymond | 0001 | MTC-00024920
Merter, Mark | 0001 | MTC-00016727
Merz, Carl | 0001 | MTC-00012713
Merz, Carl A. | 0001 | MTC-00007678
Mesarch, Byron S. | 0001 | MTC-00020304
Meserve, Paul | 0001 | MTC-00014893
Mesirow, John | 0001 | MTC-00005967
Messano, Michael | 0001 | MTC-00019481
Messenger, Karen | 0001 | MTC-00004371
Messenger, Matthew | 0001 | MTC-00016068
Messenger, Matthew | 0001 | MTC-00016122
Messenheimee, Harry | 0003 | MTC-00030460
Messer, Beverly | 0001 | MTC-00013186
Messick, David | 0001 | MTC-00014203
Messing, Aaron | 0001 | MTC-00007040
Messler, Charles | 0001 | MTC-00010588
Messmer, Timothy | 0001 | MTC-00007706
Messner, David | 0001 | MTC-00014167
Messner, Jeff | 0001 | MTC-00016140
Messutta. Stephen | 0002 | MTC-00027760
Meszar, Mark | 0001 | MTC-00033312
Met | 0001 | MTC-00017157
metaljo | 0001 | MTC-00021386
Metcalf, Fred T. | 0001 | MTC-00016281
Metcalf, Walter | 0001 | MTC-00021696
Metcalfe, Douglas | 0001 | MTC-00020457
Metcalfe, Greg | 0001 | MTC-00025464
Mettler, Lewis A. | 0001 | MTC-00002578
Metz, Jason | 0002 | MTC-00017188
Metz, Ryan | 0001 | MTC-00023406
Metz, Shmuel | 0002 | MTC-00024591
Metzger, Margaret A. | 0002 | MTC-00022385
Metzler, Mike | 0001 | MTC-00015443
Meulen, Andy | 0001 | MTC-00017102
Meuser, John C. | 0001 | MTC-00015095
Meyer, Alan | 0001 | MTC-00003016
Meyer, Brian T. | 0001 | MTC-00013684
Meyer, Chris | 0001 | MTC-00018464
Meyer, Edwin | 0001 | MTC-00025877
Meyer, Gerald | 0001 | MTC-00013115
Meyer, Gordan | 0001 | MTC-00016585
Meyer, Harry | 0001 | MTC-00012881
Meyer, Norman | 0001 | MTC-00007555
Meyer, Scott | 0002 | MTC-00000418
Meyer, Scott | 0001 | MTC-00015671
Meyer, Vincent | 0001 | MTC-00019565
Meyers, Charles | 0002 | MTC-00024887
Meyers, Chris | 0001 | MTC-00017030
Meyers, Joe | 0001 | MTC-00029856
Meyers, Michele | 0001 | MTC-00031029
Meyers, W. S. | 0001 | MTC-00004069
Meytin, Roman | 0001 | MTC-00015743
mf.mathis@ gte.net | 0001 | MTC-00024764
mgb—bas@ mediaone.net | 0001 | MTC-00024813
MGYSGTUSMC@ aol.com | 0001 | MTC-00001865
Michael P. Conlon | 0002 | MTC-00019711
Michael, Eugene | 0001 | MTC-00030748
Michael, Jonathan | 0001 | MTC-00013176
Michaelee, Dennis | 0001 | MTC-00030732
Michaelian, Dave | 0001 | MTC-00027403
MICHAELJP@ aol.com | 0001 | MTC-00023141
Michaels, Mac | 0001 | MTC-00016588
Michaels-Ober, Erik | 0001 | MTC-00023628
Michal, Carl | 0003 | MTC-00004366
Michaud, Darrell | 0001 | MTC-00027332
Michel, Bill | 0001 | MTC-00006889
Michel@ email.netonecom.net | 0001 | MTC-00003744
Michelman, Joshua | 0001 | MTC-00007422
Michelson, Curtis | 0001 | MTC-00004871
Michelson, Rhett | 0001 | MTC-00025433
Michot, Michael J. | 0002 | MTC-00031176
Mickey, Daniel D. | 0001 | MTC-00018855
mickeydog@ zianet.com | 0001 | MTC-00016436
Microsoft Settlement | 0001 | MTC-00003771
Microsoft Settlement | 0002 | MTC-00008224
Microsoft Settlement | 0001 | MTC-00003569
Midura, Marc | 0001 | MTC-00016061
Mielczarek, Ted | 0001 | MTC-00017700
Miele, V. P. | 0001 | MTC-00004364
Miele, V.P. | 0001 | MTC-00000618
Mielke, John K. | 0001 | MTC-00006847
Mierop, Lex | 0001 | MTC-00015011
Mieusset, Jean L. | 0001 | MTC-00018463
Mignault, Josh | 0001 | MTC-00015132
Mike | 0002 | MTC-00002708
Mike | 0001 | MTC-00003143
Mike | 0001 | MTC-00010846
Mike | 0001 | MTC-00005281
Mike | 0001 | MTC-00007491
mike@ wt6.usdoj.gov | 0001 | MTC-00016877
mikemartin1@ earthlink.net | 0001 | MTC-00017322
mikeoc@ digitalexp.com | 0001 | MTC-00028717
Mikey | 0001 | MTC-00004395
Mikowski, Michael S. | 0004 | MTC-00002211
Mikus, Augey | 0002 | MTC-00003868
Milam, Todd | 0001 | MTC-00015633
Milavic, Jack | 0002 | MTC-00033453
Milbauer, Gil | 0001 | MTC-00005163
Miles, David | 0002 | MTC-00017109
Miles, Frank | 0002 | MTC-00003775
Mileti, Bob | 0001 | MTC-00010822
Milewski, Robert A. | 0001 | MTC-00017656
Miley, John | 0001 | MTC-00004173
Milford, Casey | 0001 | MTC-00015276
Milhizer, Eric | 0001 | MTC-00000458
Milian, Rudolph E. | 0001 | MTC-00006841
Milican, Roy | 0001 | MTC-00016395
Milito, Craig | 0001 | MTC-00022689
Millard, Mark | 0002 | MTC-00014476
Miller JP | 0001 | MTC-00024294
Miller, Alan | 0001 | MTC-00031944
Miller, Allan | 0002 | MTC-00019584
Miller, Anatoly | 0001 | MTC-00028429
Miller, Andrew | 0001 | MTC-00013377
Miller, Andrig | 0004 | MTC-00003174
Miller, Bob | 0001 | MTC-00017012
Miller, Bob | 0001 | MTC-00031702
Miller, Brad | 0001 | MTC-00019248
Miller, Brett | 0001 | MTC-00027557
Miller, Brian | 0001 | MTC-00016925
Miller, Bruce | 0001 | MTC-00028986
Miller, Burnton | 0001 | MTC-00023185
Miller, Chad | 0001 | MTC-00025278
Miller, Christian | 0002 | MTC-00002123
Miller, Craig | 0001 | MTC-00019507
Miller, Craig S. | 0001 | MTC-00020061
Miller, D. | 0001 | MTC-00026097
Miller, Daniel | 0001 | MTC-00022286
Miller, Daniel | 0001 | MTC-00008555
Miller, David | 0001 | MTC-00027211
Miller, David D. | 0001 | MTC-00006667
Miller, Dennis | 0001 | MTC-00000579
Miller, Edwin | 0002 | MTC-00014720
Miller, Ellen | 0001 | MTC-00009083
Miller, Fred A. | 0001 | MTC-00017467
Miller, Fred A. | 0001 | MTC-00003854
Miller, Gary | 0002 | MTC-00010142
Miller, Geoffrey | 0002 | MTC-00026208
Miller, Gerald | 0001 | MTC-00025483
Miller, Henry W. | 0001 | MTC-00015724
Miller, Herb | 0001 | MTC-00020581
Miller, James F. | 0001 | MTC-00008411
Miller, Jason | 0002 | MTC-00016188
Miller, Jason C. | 0001 | MTC-00021672
Miller, Jason C. | 0001 | MTC-00015084
Miller, Jason D. | 0001 | MTC-00005102
Miller, Jeanne A. | 0002 | MTC-00026805
Miller, Jeff | 0001 | MTC-00006028
Miller, Jim | 0001 | MTC-00016626
Miller, Jim | 0001 | MTC-00021835
Miller, Jim | 0002 | MTC-00005083
Miller, Jim | 0001 | MTC-00010060
Miller, John G. | 0001 | MTC-00025138
Miller, John G. | 0001 | MTC-00030404
Miller, Jonathan | 0001 | MTC-00017005
Miller, Justin | 0002 | MTC-00017126
Miller, Ken | 0001 | MTC-00016571
Miller, Laura | 0001 | MTC-00005710
Miller, Luke | 0001 | MTC-00018419
Miller, Marie | 0001 | MTC-00009572
Miller, Mark | 0001 | MTC-00006434
Miller, Mark | 0002 | MTC-00017773
Miller, Mark | 0001 | MTC-00026879
Miller, Matthew | 0002 | MTC-00015111
Miller, Matthew | 0001 | MTC-00016563
Miller, Michael | 0001 | MTC-00004886
Miller, Michael | 0001 | MTC-00003568
Miller, Michael | 0001 | MTC-00021132
Miller, Michael A. | 0001 | MTC-00015097
Miller, Mike | 0002 | MTC-00003809
Miller, Mike | 0001 | MTC-00020522
Miller, Paul | 0001 | MTC-00020913
Miller, Phil | 0001 | MTC-00028881
Miller, Richard | 0002 | MTC-00029979
Miller, Richard H. | 0001 | MTC-00012903
Miller, Robin | 0001 | MTC-00004057
Miller, Robin | 0001 | MTC-00028044
Miller, Ron | 0001 | MTC-00015353
Miller, Ronnie | 0001 | MTC-00031324
Miller, Sharon | 0002 | MTC-00030470
Miller, Steve | 0001 | MTC-00010263
Miller, Steven | 0001 | MTC-00014765
Miller, Timothy | 0002 | MTC-00016185
Miller, Tom | 0002 | MTC-00014261
Miller, Tom | 0002 | MTC-00010555
Miller, Tony | 0001 | MTC-00008239
Miller, Warren | 0001 | MTC-00031351
Miller, William | 0002 | MTC-00030638
Millerick, Shawn P. | 0001 | MTC-00002725
Millevoi, Arthur | 0001 | MTC-00031373
Millican, tripp | 0001 | MTC-00015294
Millichamp, Les | 0001 | MTC-00024315
Millichamp, Sean E. | 0003 | MTC-00024100
Milligan, David A. | 0001 | MTC-00024995
Mills, Blake | 0001 | MTC-00029546
Mills, Edward | 0001 | MTC-00026595
Mills, Gary | 0001 | MTC-00025193
Mills, Jeff | 0001 | MTC-00010107
Mills, M. | 0001 | MTC-00008238
Mills, Mark | 0001 | MTC-00031985
MIlls, Mark M. | 0001 | MTC-00031646
Mills, W. Nathaniel | 0002 | MTC-00010852
Millsap, Mark | 0001 | MTC-00021329
Millsaps, Gene | 0001 | MTC-00009853
Millson, Michael | 0003 | MTC-00030682
Millson, Mike | 0001 | MTC-00002943
Millson, Mike | 0002 | MTC-00004363
Milsap, Glenn | 0001 | MTC-00031307
Milstead, W.H. | 0002 | MTC-00032048
Milsud, John | 0002 | MTC-00027568
Milton, Cheri | 0001 | MTC-00031122
Milton, David | 0001 | MTC-00011522
Milton, Stephen | 0001 | MTC-00018004
MIMIPIERCE@ aol.com | 0001 | MTC-00014782
Minafra, Louis A. | 0001 | MTC-00000377
Mindenhall, Mark | 0001 | MTC-00029018
Mindler, Dan | 0001 | MTC-00015200
Mindrup, Paul | 0001 | MTC-00006742
Mineer, Lloyd | 0002 | MTC-00031672
Mings, Jerry Spencer | 0002 | MTC-00025369
Minke, Travis | 0002 | MTC-00013930
Minkoff, Anthony | 0006 | MTC-00009711
Minnick, Ronald | 0002 | MTC-00026210
Minnie, Joseph | 0001 | MTC-00029137
Minor, Ira J. | 0001 | MTC-00002405
Minor, Matthew | 0001 | MTC-00018536
Minor, Terry | 0001 | MTC-00031720
Mintz, Elaine | 0001 | MTC-00007239
Mintze, Kai | 0004 | MTC-00031355
Minvielle, Robert | 0001 | MTC-00015189
Minyard, Cory | 0002 | MTC-00027103
Miraglia, Woody | 0001 | MTC-00007089
Miranda, Jose | 0001 | MTC-00018800
Mirande, Karen | 0002 | MTC-00002303
Mirande, Michael | 0004 | MTC-00004864
Mirchandani, Jaideep | 0001 | MTC-00011146
Mireles, Jesse | 0001 | MTC-00013555
Mireless, Jesse | 0001 | MTC-00013491
Mirspepasy, Emil | 0001 | MTC-00007593
Misch, Michael | 0001 | MTC-00029608
Miskiewicz, James | 0001 | MTC-00016314
Misko | 0001 | MTC-00004728
Missert, Jon | 0001 | MTC-00005486
Mitchell, B. J. | 0001 | MTC-00015113
Mitchell, Carson | 0002 | MTC-00007425
Mitchell, Chris | 0001 | MTC-00014444
Mitchell, David | 0001 | MTC-00018407
Mitchell, Doug | 0001 | MTC-00027444
Mitchell, George | 0001 | MTC-00004205
Mitchell, Harold G. | 0001 | MTC-00028822
Mitchell, Harold G. | 0001 | MTC-00028834
Mitchell, J. Wesley | 0002 | MTC-00010227
Mitchell, Jeffrey | 0002 | MTC-00018872
Mitchell, Jim | 0001 | MTC-00027079
Mitchell, Jimmy R. | 0001 | MTC-00029597
Mitchell, John A. | 0001 | MTC-00007218
Mitchell, John T. | 0001 | MTC-00004093
Mitchell, Laurie | 0001 | MTC-00006902
Mitchell, Michael L | 0001 | MTC-00027476
Mitchell, Ocie | 0002 | MTC-00018137
Mitchell, Pamela | 0001 | MTC-00020592
Mitchell, Paul S. & Germiane K | 0001 | MTC-00019572
Mitchell, Phil | 0001 | MTC-00014098
Mitchell, Richard | 0002 | MTC-00004579
Mitchum, Pam | 0003 | MTC-00014395
Mitlon, David | 0001 | MTC-00008828
Mitros, Piotr | 0001 | MTC-00018010
Mittovich, Dushen | 0002 | MTC-00030325
Mitts, Douglas | 0002 | MTC-00002575
Mitts, Josh | 0001 | MTC-00005501
mizelles | 0001 | MTC-00021377
Mizrahi, Edwin | 0001 | MTC-00005247
Mizvkami, Tony | 0001 | MTC-00019807
MJ | 0001 | MTC-00024900
mjacobs@ microsoft.com | 0001 | MTC-00024828
mjenks@ anysott.com | 0001 | MTC-00024263
MJGLeo@ aol.com | 0001 | MTC-00007510
Mlanders@ triad.rr.com | 0001 | MTC-00028203
MM | 0001 | MTC-00015962
mmcbee@ hotmail.com | 0001 | MTC-00014338
mmerkel@ adelphi.net | 0001 | MTC-00021956
MNM Millman | 0001 | MTC-00002764
Moberger, Ann | 0001 | MTC-00013175
Moberly, Bill | 0002 | MTC-00030015
Mobilio, Mark J. | 0001 | MTC-00031434
Mobley, Hugh | 0002 | MTC-00027382
Mocenigo, John | 0002 | MTC-00010200
Modun, Gary A. | 0001 | MTC-00023760
Moe, James M. | 0002 | MTC-00024450
Moe, Larry | 0001 | MTC-00006922
Moe, Larry | 0001 | MTC-00012823
Moe, Marge | 0001 | MTC-00000627
Moe, Rick | 0001 | MTC-00006531
Moehle, Melvin O. | 0001 | MTC-00008496
Moehle, Stephen | 0001 | MTC-00017070
Moeller, Mark | 0001 | MTC-00023949
Moenel, Tom | 0003 | MTC-00030376
Moestl, Sylvia | 0001 | MTC-00012810
Moffatt, Gary | 0001 | MTC-00024095
Moffet, Scott | 0001 | MTC-00019953
Mofish | 0001 | MTC-00028401
Moghab, Mark | 0002 | MTC-00033672
Moglewer, Sidney | 0001 | MTC-00004291
Moh Dave Contr WRAL/LYSBD | 0001 | MTC-00027610
Mohammed, Riad | 0001 | MTC-00020106
Mohlenbrok, Gerald | 0001 | MTC-00007109
Mohler, Bruce | 0001 | MTC-00000427
Mohler, Bruce | 0001 | MTC-00017351
Mohnkenn, Jeff | 0001 | MTC-00020028
Mohr, Alexey | 0001 | MTC-00020154
Mohr, Andreas | 0001 | MTC-00014845
Mohr, Michael | 0002 | MTC-00004623
Mohrmann, Jerinda F. | 0001 | MTC-00031169
Mohrmann, John E. | 0001 | MTC-00030721
Molanphy, David A. | 0001 | MTC-00013434
Molay, Bruce | 0002 | MTC-00010161
Molen, Richard | 0002 | MTC-00000036
Moles, Al and Zeda | 0001 | MTC-00020810
Moline, Christopher and Sharon | 0001 | MTC-00030473
Moll, Drew | 0001 | MTC-00013646
Monaghan, Timothy | 0001 | MTC-00019548
Monahan, Pat | 0001 | MTC-00006641
Monaslo, Michael | 0001 | MTC-00015660
Moncrieff, Eric | 0001 | MTC-00016377
Mondillo, Ron | 0001 | MTC-00007968
Monelle, Joseph | 0002 | MTC-00029994
Monette, Mark | 0001 | MTC-00008803
Monetu, Carlo | 0002 | MTC-00003175
Mongardi, Grant | 0002 | MTC-00004532
Monk, Don | 0002 | MTC-00027965
monkeyjr@ purdue.edu | 0001 | MTC-00028721
Monks, Jeffrey | 0002 | MTC-00009818
Monroe, Elfie | 0001 | MTC-00007097
Monson, Carl | 0002 | MTC-00032041
Monson, Paul | 0001 | MTC-00007657
Monson, Paul E. | 0001 | MTC-00007677
Montefrio, Gladys | 0001 | MTC-00028331
Montefrio, Vhon | 0002 | MTC-00032596
Montesi, Rosemary | 0001 | MTC-00008305
Montgano, Justin | 0001 | MTC-00027566
Montgomery, George C. | 0001 | MTC-00005614
Montgomery, Karina | 0001 | MTC-00028386
Montgomery, Mark A. | 0002 | MTC-00027963
Montgomery, Pat | 0001 | MTC-00000144
Montgomery, Pat | 0001 | MTC-00032248
Montgomery, Richard | 0001 | MTC-00006417
Montgomery-Smith, Stephen | 0002 | MTC-00023919
Monty, King | 0001 | MTC-00024002
Montz, Michael | 0001 | MTC-00023102
Moon, Dennis | 0001 | MTC-00027059
Moon, John | 0002 | MTC-00029397
Moon, Luther | 0002 | MTC-00006380
Moon, Sean | 0001 | MTC-00000472
Moone, Bidwell | 0001 | MTC-00021558
Mooney, Jim | 0002 | MTC-00024893
Mooney, Micheal D. | 0001 | MTC-00017957
moonlitstars@ prodigy.net | 0001 | MTC-00010388
Moore | 0001 | MTC-00030128
Moore, Adele | 0001 | MTC-00017156
Moore, Bidwell | 0001 | MTC-00011956
Moore, Bob | 0001 | MTC-00029569
Moore, Brian | 0001 | MTC-00016146
Moore, Bruce | 0001 | MTC-00004460
Moore, Dan | 0002 | MTC-00015699
Moore, Dave | 0001 | MTC-00005272
Moore, Dean | 0001 | MTC-00003762
Moore, Dean | 0001 | MTC-00005349
Moore, Donald | 0001 | MTC-00019873
Moore, Douglas | 0001 | MTC-00018150
Moore, Eli Kae | 0001 | MTC-00003940
Moore, Eric | 0001 | MTC-00018881
Moore, Frank | 0002 | MTC-00000157
Moore, GIlda | 0001 | MTC-00029122
Moore, Harry | 0002 | MTC-00033509
Moore, J. W. | 0001 | MTC-00008764
Moore, Jeff | 0001 | MTC-00003834
Moore, Jerry | 0001 | MTC-00030777
Moore, Keith | 0005 | MTC-00028792
Moore, Kevin | 0002 | MTC-00026215
Moore, Kevin | 0001 | MTC-00009978
Moore, Kevin | 0001 | MTC-00025026
Moore, Lataline | 0001 | MTC-00014792
Moore, Louis and Billmyer, Joanna | 0004 | MTC-00014439
Moore, Mairlyn H. | 0001 | MTC-00007470
Moore, Mike | 0001 | MTC-00013350
Moore, Richard | 0002 | MTC-00023914
Moore, Rick | 0001 | MTC-00003655
Moore, Rick | 0001 | MTC-00028643
Moore, Rick E. | 0001 | MTC-00000359
Moore, Ronald T. | 0001 | MTC-00006492
Moore, Susan Church | 0001 | MTC-00009221
Moore, Terry | 0001 | MTC-00011487
Moore, Timothy D. | 0002 | MTC-00023905
Moore, Tom | 0001 | MTC-00011520
Moore, Tom | 0001 | MTC-00004415
Moore, William | 0002 | MTC-00029955
Moore, William B. | 0001 | MTC-00010731
Moore- Read, Terry | 0001 | MTC-00000034
Mora, Shelley | 0002 | MTC-00021531
Moraff, Paul | 0001 | MTC-00010412
Morales, Alejandro | 0001 | MTC-00015686
Morales, Gabriel | 0001 | MTC-00019573
Morales, John | 0001 | MTC-00020922
Morales, Santiago | 0002 | MTC-00029733
Moran, Donald F. | 0001 | MTC-00006694
Moran, Jay | 0002 | MTC-00004236
Moran, Mark | 0001 | MTC-00028365
Moran, Michael A. | 0001 | MTC-00024440
Moran, R. J. | 0001 | MTC-00003945
Morando, Alex | 0002 | MTC-00019578
Morano, George G. | 0001 | MTC-00007367
Morarji, Nikesh J. | 0001 | MTC-00027360
Morcos, Alex | 0001 | MTC-00024868
morcos@ hotmail.com | 0001 | MTC-00024829
Morehead, Nancy | 0002 | MTC-00009434
Morehouse, Craig | 0001 | MTC-00010954
Morelli-Parvizi, Kathleen | 0001 | MTC-00022924
Morello, Frank | 0001 | MTC-00006906
Morelock, Philip | 0001 | MTC-00012508
MOrgan Jr., Wallis J. | 0001 | MTC-00011269
Morgan, Andrew | 0002 | MTC-00003770
Morgan, Clark | 0002 | MTC-00023940
Morgan, David | 0001 | MTC-00029863
Morgan, Eleanor J. | 0001 | MTC-00004768
Morgan, Harold | 0001 | MTC-00024938
Morgan, James, J. | 0001 | MTC-00007867
Morgan, Jesse L. | 0002 | MTC-00015003
Morgan, Jonathan | 0001 | MTC-00003592
Morgan, Kathy | 0002 | MTC-00026937
Morgan, Kevin | 0001 | MTC-00020169
Morgan, Neil & Debbie | 0001 | MTC-00008377
Morgan, Wes | 0001 | MTC-00019599
Morillo, Ryan | 0001 | MTC-00005058
Morin, Claudia | 0001 | MTC-00030237
Morin, Duane | 0002 | MTC-00000589
Morin, Rich | 0001 | MTC-00017526
Morley, Robert A. | 0001 | MTC-00000623
Morlino, Marc | 0001 | MTC-00024337
Morning, Carla | 0001 | MTC-00011612
Morningstar, Denise | 0001 | MTC-00009539
Morningstar, Scott | 0002 | MTC-00020157
Morod, Karen | 0002 | MTC-00017660
Morotti, John | 0001 | MTC-00014248
Morow, David L. | 0001 | MTC-00015057
Morphy, James D. | 0002 | MTC-00030862
Morrello, Peter J. | 0001 | MTC-00032028
morrieab | 0001 | MTC-00021392
Morrill, Jim | 0001 | MTC-00029681
Morris, Adam and Christie | 0001 | MTC-00017489
Morris, Andrew | 0001 | MTC-00003693
Morris, Bridget | 0001 | MTC-00020857
Morris, Cebron | 0001 | MTC-00007157
Morris, Chris | 0001 | MTC-00003486
Morris, Edward A. | 0001 | MTC-00006840
Morris, Elizabeth | 0001 | MTC-00008344
Morris, John R. | 0001 | MTC-00028376
Morris, Joseph | 0001 | MTC-00005166
Morris, Judy | 0001 | MTC-00005429
Morris, Michael | 0001 | MTC-00011145
Morris, Mitchell | 0001 | MTC-00027640
Morris, Rex | 0001 | MTC-00029380
Morris, Ricky | 0001 | MTC-00008190
Morris, Robert | 0002 | MTC-00016615
Morris, Tai | 0001 | MTC-00013374
Morris, Tom | 0001 | MTC-00031010
Morris, William | 0001 | MTC-00020441
Morrisey, Andrew | 0002 | MTC-00026076
Morrison, Christoher Sean | 0002 | MTC-00023002
Morrison, Genie | 0001 | MTC-00011547
Morrison, John | 0002 | MTC-00000725
Morrison, John | 0003 | MTC-00021566
Morrison, Kent | 0001 | MTC-00003871
Morro, Ray | 0001 | MTC-00023569
Morrow, Grant | 0001 | MTC-00003692
Morrow, Lee | 0001 | MTC-00007920
Morrow, Nick | 0001 | MTC-00004593
Morrow, Randy | 0001 | MTC-00015117
Morse, Cindy | 0001 | MTC-00005226
Morse, Joe | 0002 | MTC-00004972
Morse, Leonard and Marge | 0001 | MTC-00027552
Morse, Matt | 0001 | MTC-00017875
Morss, Charlie | 0001 | MTC-00017995
Mortensen, Alan | 0001 | MTC-00019408
MOrtezavi, Kamran | 0001 | MTC-00011550
Morton, Brian | 0001 | MTC-00024836
Morton, Brian Wendell | 0002 | MTC-00026186
Mos, J. | 0001 | MTC-00000702
Moseley, David | 0001 | MTC-00026072
Mosendale, Dan | 0001 | MTC-00029142
Moser, Benjamin | 0001 | MTC-00024544
Moser, Evelyn | 0001 | MTC-00009774
Moser, Jeffrey R. | 0001 | MTC-00007526
Moser, Sanford | 0001 | MTC-00028084
Mosesso, Frank | 0001 | MTC-00013321
Mosimann, James | 0001 | MTC-00005520
Moskowitz, Ken | 0001 | MTC-00002804
Moss, Mark | 0002 | MTC-00014159
Moss, Martin | 0001 | MTC-00017817
Moss, Peter B. | 0001 | MTC-00006804
Moss, William | 0001 | MTC-00027365
Mossberg, Andrew E. | 0001 | MTC-00029083
motelman@ aol.com | 0001 | MTC-00008004
Motley, Matthew | 0001 | MTC-00024860
Mott, David | 0001 | MTC-00028981
Mott, Jason | 0002 | MTC-00003829
Motyka, Michael | 0001 | MTC-00011375
Motze, Virginia | 0002 | MTC-00026808
Motzenbecker, Paul D. | 0001 | MTC-00001182
Moudakis, Nick | 0001 | MTC-00001875
Mouilleseaux, Jean-Pierre | 0001 | MTC-00026116
Moulds, Lee | 0001 | MTC-00008336
Moultray, Josh | 0001 | MTC-00005782
Mounce, Rev. Bill and Shandy | 0001 | MTC-00007720
Mounsey, Peter | 0001 | MTC-00007123
Mountz, Wade | 0002 | MTC-00033617
Mowny, Patrice | 0001 | MTC-00016644
Moxley, Paul T. | 0002 | MTC-00030022
Moya, Fabiano | 0001 | MTC-00008995
Moyano, Matias | 0002 | MTC-00007695
Moyano, Matias | 0001 | MTC-00005062
Moyse, Biran | 0001 | MTC-00003027
Mozzerrolli, Bev | 0001 | MTC-00015791
mqabar@ molemetrics.com | 0001 | MTC-00014333
Mr. SJB | 0001 | MTC-00010112
Mr. Theoden | 0001 | MTC-00003080
Mrappeal@ cwnet.com | 0001 | MTC-00010422
Mruczkowski, Ted | 0001 | MTC-00014009
mshomphe@ acm.org | 0001 | MTC-00024231
MSN | 0001 | MTC-00004332
mtdrainfo@ yahoo.com | 0001 | MTC-00010461
Mturyn@ world.std.com | 0001 | MTC-00000131
Much, Kathleen | 0001 | MTC-00016958
Mucha, Alex | 0001 | MTC-00019530
Mueller, Andrew | 0001 | MTC-00020861
Mueller, Carl | 0001 | MTC-00015759
Mueller, Edward J. | 0001 | MTC-00007747
Mueller, Kirk | 0001 | MTC-00013693
Mueller, Steve | 0001 | MTC-00029183
Mugar, H. | 0001 | MTC-00025087
Mugar, Paul | 0002 | MTC-00025133
Muhammed, Hasan | 0001 | MTC-00018111
Muine, Forrest | 0001 | MTC-00029581
Muine, Forrest H. | 0001 | MTC-00029964
Muir, Douglas | 0002 | MTC-00003185
Muir, James | 0001 | MTC-00005689
Muksus@ aol.com | 0002 | MTC-00012928
Mulder, Stan | 0001 | MTC-00017816
Muldoon, Mike | 0002 | MTC-00004538
Mulett, Raymond | 0001 | MTC-00014217
Mulhall | 0002 | MTC-00023918
Mull, Larry | 0001 | MTC-00027836
Mullen, Anthony | 0001 | MTC-00026726
Mullen, Rudolph | 0001 | MTC-00031216
Muller, Rick | 0001 | MTC-00003421
Muller, Thomas | 0001 | MTC-00009266
Mulligan, Carolyn | 0001 | MTC-00021215
Mulligan, Kyan | 0001 | MTC-00018777
Mullin, Henry | 0001 | MTC-00010970
Mullins, Daphanie M. | 0002 | MTC-00004305
Mullins, Daphanie M. | 0001 | MTC-00004407
Mullins, Tom Lee | 0001 | MTC-00023255
Mulloy, Mary | 0002 | MTC-00033523
Mulray, Martha | 0002 | MTC-00029894
Mumm, Greg | 0003 | MTC-00004855
MUmsy37@ aol.com | 0001 | MTC-00028922
Munafo, Robert | 0001 | MTC-00026566
Mundinger, Shirley R. | 0001 | MTC-00029159
Mundkur, Prashanth | 0004 | MTC-00024421
Mundwiller, Richard | 0001 | MTC-00026703
Mundy, Bill | 0002 | MTC-00026876
Munevan, Alvero | 0002 | MTC-00030625
Munier, Ron | 0001 | MTC-00025904
Munn, Dwight | 0001 | MTC-00023055
Munn, John R. | 0001 | MTC-00010259
MUNNEKE3@ aol.com | 0001 | MTC-00008856
Munro Jr, James | 0001 | MTC-00005791
Munro, Robert | 0002 | MTC-00029413
Munsinger, Doug | 0002 | MTC-00005020
Muppalla, Vasu | 0001 | MTC-00003528
Muraro, Leo | 0002 | MTC-00018845
Murase, Morio | 0001 | MTC-00020316
Murch, A. Douglas | 0002 | MTC-00024543
Murchie, Colin | 0001 | MTC-00003647
Murchison, John | 0001 | MTC-00001662
Murchy, Richard | 0001 | MTC-00028399
Murdach, David | 0001 | MTC-00007383
Murdoch-Kitt, Jonathan | 0001 | MTC-00008369
Murdock, Chloe | 0001 | MTC-00008835
Murdock, Dan | 0001 | MTC-00004333
Murdock, Margaret | 0001 | MTC-00008069
Murhammer, Fred | 0001 | MTC-00028304
Murphree, Frank | 0002 | MTC-00028912
Murphree, Patrick D. | 0001 | MTC-00010894
Murphy, Colin | 0001 | MTC-00022005
Murphy, Duncan | 0001 | MTC-00015559
Murphy, Gary | 0001 | MTC-00003533
Murphy, Jim | 0001 | MTC-00025856
Murphy, John | 0001 | MTC-00014406
Murphy, John | 0001 | MTC-00020166
Murphy, John | 0001 | MTC-00007072
Murphy, John and MaryEllen | 0001 | MTC-00007589
Murphy, Nicholas | 0001 | MTC-00020406
Murphy, tom | 0001 | MTC-00018924
Murray, Alan and Tamara | 0001 | MTC-00001341
Murray, Bill | 0002 | MTC-00017740
Murray, Bruce G. | 0001 | MTC-00005183
Murray, Francis | 0002 | MTC-00033472
Murray, Geoff | 0001 | MTC-00026470
Murray, Glenn | 0002 | MTC-00004824
Murray, J. | 0001 | MTC-00007594
Murray, Jeanne | 0001 | MTC-00008359
Murray, Joanne | 0001 | MTC-00013526
Murray, Joe | 0001 | MTC-00012594
Murray, Keith | 0001 | MTC-00030348
Murray, Marie | 0001 | MTC-00026561
Murray, Paul | 0002 | MTC-00019867
Murray, Trish | 0001 | MTC-00010146
Murray, Tyson | 0001 | MTC-00029150
Murrell, Fred | 0001 | MTC-00008417
Murren, Andy | 0002 | MTC-00014957
mursolo@ hotmail.com | 0001 | MTC-00024766
Murtha, Damian | 0001 | MTC-00000341
Murtha, Steve | 0001 | MTC-00016600
Musci, Ricky | 0001 | MTC-00016978
Muse, Charlotte | 0001 | MTC-00028469
Muse, Dave | 0002 | MTC-00004578
Musgrove, Earl T. | 0001 | MTC-00007596
Muson, Ronald Earl | 0001 | MTC-00030730
Mussatto, William | 0002 | MTC-00018114
Mustin, Carolyn | 0001 | MTC-00006412
Muth, Clarence J. | 0001 | MTC-00007758
Mutter, Brad | 0003 | MTC-00027556
Muzhuthettu, Joy | 0001 | MTC-00009137
Muzzi, Matthew | 0001 | MTC-00015693
mwylie@ abccentralflorida.org | 0001 | MTC-00014589
Mycroft, Rich | 0002 | MTC-00004278
Myer, David E. | 0001 | MTC-00009254
Myers, Ann Mary | 0001 | MTC-00029348
Myers, Anthony | 0002 | MTC-00014609
Myers, Austin | 0002 | MTC-00003506
Myers, Brad | 0002 | MTC-00016815
Myers, Claude | 0001 | MTC-00031013
Myers, Dennis | 0001 | MTC-00008981
Myers, Doyle | 0002 | MTC-00000403
Myers, Gary | 0001 | MTC-00017368
Myers, James F. | 0001 | MTC-00027027
Myers, Jim | 0002 | MTC-00019334
Myers, Jim W. | 0002 | MTC-00024389
Myers, Leif | 0001 | MTC-00018109
Myers, Mike | 0001 | MTC-00019290
Myers, Nathan | 0002 | MTC-00025039
Myers, P2 | 0001 | MTC-00021998
Myers, Robert | 0001 | MTC-00003173
Myers, Roy William, Jr. | 0001 | MTC-00009584
Myers, Stephen | 0001 | MTC-00005279
Myerson, Daniel A. | 0001 | MTC-00010311
Myerson, Terry | 0001 | MTC-00005264
Myhre, Mike | 0001 | MTC-00003223
Mynsted | 0001 | MTC-00015432
Myote, Christine | 0001 | MTC-00030341
Myre, Oscar | 0001 | MTC-00008291
Myskowski, Sandra O. | 0001 | MTC-00011631
MyTeeMax2@ aol.com | 0001 | MTC-00024279
Na, Praw | 0001 | MTC-00012717
Nader, Gary | 0001 | MTC-00023208
Naditigal, Sam | 0001 | MTC-00030045
Naglich, Dan | 0001 | MTC-00017868
Naglich, Don | 0001 | MTC-00017804
Nagy, Csaba | 0003 | MTC-00032100
Nahabedian, Mark | 0002 | MTC-00021690
Naik, Tejas | 0001 | MTC-00028041
Nair, Hari | 0001 | MTC-00023546
Naisuler, Alan | 0004 | MTC-00014456
Nalebuff, Edward A. | 0001 | MTC-00006076
Nall, Elisha | 0002 | MTC-00033505
Nall, Nathan | 0002 | MTC-00033507
Nall, Vickie | 0002 | MTC-00033506
Name Unreadable | 0001 | MTC-00030163
Name unreadable | 0001 | MTC-00030789
name unredable | 0001 | MTC-00029679
Namon, Richard | 0001 | MTC-00019802
nancid6652@ aol.com | 0001 | MTC-00016039
Nandani, Marhar | 0001 | MTC-00007326
Nanke, Kory | 0001 | MTC-00030060
Naparstek, Jack | 0001 | MTC-00007145
Napier, Judy | 0001 | MTC-00031840
Napoli, Bill | 0001 | MTC-00030071
Naran, Travers | 0001 | MTC-00000406
Narasimhan, Partha | 0001 | MTC-00016728
Nardino, Charles T. | 0001 | MTC-00001043
Nardo, Norman | 0001 | MTC-00031119
Naresh, Himari | 0001 | MTC-00010826
NasaRulz@ hotmail.com | 0001 | MTC-00013814
Nash, Jason L. | 0001 | MTC-00025941
Nash, Kristi | 0001 | MTC-00020865
Nash, Otho | 0001 | MTC-00007163
Nash, Sydney | 0001 | MTC-00014697
Nash-Hoff, Michele | 0001 | MTC-00031977
Nasturtium | 0001 | MTC-00008577
Nath, Rob | 0002 | MTC-00005001
Nath, Ron | 0002 | MTC-00005199
Nath, Ron | 0002 | MTC-00002582
Nathanson, Dave | 0001 | MTC-00023218
Nathanson, Jeff | 0001 | MTC-00016100
Natoli, Anthony | 0003 | MTC-00004552
Naugle, Cris | 0002 | MTC-00026866
Naumann, Trent A. | 0001 | MTC-00003237
Naumov, Dan | 0001 | MTC-00014951
Nautiyal, Deepak | 0001 | MTC-00002837
Navarro, Jose | 0001 | MTC-00030964
Nawalanic, Sharon, John and Greg | 0001 | MTC-00005557
Nawaz, Mohammed | 0001 | MTC-00008740
Nay, Stephen | 0001 | MTC-00003064
Naylor, John | 0002 | MTC-00024343
Nazor, Hugh | 0001 | MTC-00012902
ndibble@ accs.net | 0001 | MTC-00011302
Neal | 0002 | MTC-00000666
Neal, Brent | 0001 | MTC-00015305
Neal, Jean | 0001 | MTC-00009196
Neale, Beverly | 0001 | MTC-00002603
Neale, Miles | 0001 | MTC-00005131
Nearing, Jim | 0001 | MTC-00013490
Nebel, Joe | 0001 | MTC-00016907
Nebergall, Christopher | 0001 | MTC-00018038
Neborg, Patrick | 0001 | MTC-00030392
Neche, Bill | 0001 | MTC-00031023
Necoechea, William and Stephanie | 0001 | MTC-00025649
Necoechea, William and Stephanie | 0001 | MTC-00005167
Necoechea, William and Stephanie | 0001 | MTC-00019631
Needham, Doug | 0001 | MTC-00029191
Needham, Douglas | 0001 | MTC-00014969
Neeley, Jason M. | 0001 | MTC-00003220
Neely, Robert | 0001 | MTC-00006882
Neff, Arlena-Ann B. | 0001 | MTC-00011813
Neff, Clifton McDaniel | 0001 | MTC-00028418
Neff, Lyle F. | 0001 | MTC-00009020
Neff, Rusty | 0002 | MTC-00000342
Negi, Akita | 0002 | MTC-00027400
neh-teh | 0001 | MTC-00007961
Nehring, Ron | 0001 | MTC-00031317
Nehrlich, Eric | 0001 | MTC-00020195
Neill, Brandon | 0001 | MTC-00016549
Neitzel, Mark | 0001 | MTC-00031008
nela@ telenet.net | 0001 | MTC-00024229
Nell, Guinevere | 0004 | MTC-00017058
Nelle, Steve | 0001 | MTC-00019656
Nelligan, Michael | 0002 | MTC-00027638
Nelms, Daniel | 0001 | MTC-00017243
Nelson, Allan | 0001 | MTC-00023544
Nelson, Andy | 0001 | MTC-00033268
Nelson, Bernard | 0001 | MTC-00007067
Nelson, Bernard | 0001 | MTC-00021845
Nelson, Bob | 0002 | MTC-00009785
Nelson, Bob | 0001 | MTC-00013796
Nelson, Charles D. | 0001 | MTC-00009464
Nelson, Chris | 0002 | MTC-00004455
Nelson, Chris | 0001 | MTC-00012814
Nelson, Cody | 0002 | MTC-00000764
Nelson, Donald | 0001 | MTC-00006304
Nelson, Erik | 0001 | MTC-00003895
Nelson, Jeff | 0001 | MTC-00002710
Nelson, Lee | 0001 | MTC-00016975
Nelson, Lynne | 0001 | MTC-00005252
Nelson, Marcus | 0002 | MTC-00004647
Nelson, Marty | 0001 | MTC-00012705
Nelson, Mike | 0002 | MTC-00003863
Nelson, Paul | 0002 | MTC-00000368
Nelson, Robert W. | 0001 | MTC-00007114
Nelson, Ron | 0001 | MTC-00004038
Nelson, Rosie | 0001 | MTC-00019499
Nelson, Sabrina | 0001 | MTC-00022300
Nelson, Steve | 0001 | MTC-00018750
Nelson, Steve | 0001 | MTC-00020026
Nelson, Theodore | 0002 | MTC-00026191
Nelson, Theodore W. | 0001 | MTC-00008110
Nelson, Wilbur | 0001 | MTC-00001953
Nelson, Wilbur | 0001 | MTC-00018891
Nemchak, Joseph | 0001 | MTC-00031510
Nemecek, Frank P. | 0001 | MTC-00019513
Nemecek, William | 0001 | MTC-00031421
Nemeyer, George F. | 0001 | MTC-00019244
Nemia, Frank A. | 0001 | MTC-00006427
Nemitz, Vernon | 0002 | MTC-00015319
Nen'tt, Robert | 0001 | MTC-00017608
Nesbitt, Bruce | 0001 | MTC-00000287
Nesbitt, Elizabeth and Dorton, Andy | 0001 | MTC-00032017
Nesbitt, Peter J. | 0001 | MTC-00015039
Nesbitt, Ross | 0002 | MTC-00019231
Nesius, Robert A. | 0001 | MTC-00018714
Nesky, Mark | 0004 | MTC-00027786
Ness, Andrew | 0001 | MTC-00000603
Ness, Daniel | 0001 | MTC-00005818
Ness, Jonathan | 0001 | MTC-00004417
Ness, Milo | 0001 | MTC-00013428
Ness, Milo | 0001 | MTC-00006710
Nestar, Larry | 0001 | MTC-00026494
Nettles, Marc | 0001 | MTC-00029915
Nettles, Marc T. | 0001 | MTC-00029775
Nettles-Borden, Franklin | 0001 | MTC-00007651
Neu, David | 0001 | MTC-00023908
Neubauer, Ray | 0001 | MTC-00006460
Neufeld, Jonathan | 0002 | MTC-00004989
Neugebauer, Richard A. | 0001 | MTC-00031383
Neuman, Michael and Rebecka | 0001 | MTC-00002356
Neumann, Erika | 0001 | MTC-00029153
Neutinger, Nathan | 0002 | MTC-00015518
Neva | 0001 | MTC-00012387
newaje | 0001 | MTC-00020424
Newberry, Geoff | 0001 | MTC-00024536
Newbold, Richard | 0001 | MTC-00015926
Newborn, Earl | 0002 | MTC-00004115
Newbury, RG | 0001 | MTC-00017712
Newby, Kris | 0001 | MTC-00022772
Newcomb, Doug | 0001 | MTC-00000149
Newcomb, Wayne | 0001 | MTC-00005417
Newcum, David | 0001 | MTC-00016212
Newell, John R. | 0001 | MTC-00006934
Newell, Lynda | 0001 | MTC-00010233
Newell, Mary Jane | 0001 | MTC-00029218
Newell, Paul | 0002 | MTC-00030014
Newell, Scott | 0001 | MTC-00025951
Newhall, Matthew | 0002 | MTC-00017503
Newkirk, James | 0001 | MTC-00008937
Newkirk, Jay | 0001 | MTC-00013901
Newlin, Kim | 0001 | MTC-00007462
Newman, Alan | 0001 | MTC-00013398
Newman, Arthur M. | 0001 | MTC-00001669
Newman, B. | 0001 | MTC-00006499
Newman, Bryan | 0001 | MTC-00022252
Newman, Dennis | 0001 | MTC-00030783
Newman, Glenn A. | 0001 | MTC-00014237
Newman, Liam | 0001 | MTC-00030177
Newman, Linda | 0001 | MTC-00031494
Newquist, Jeff | 0001 | MTC-00017597
Newquist, Jonathan | 0001 | MTC-00020518
Newsome, William G. | 0001 | MTC-00031313
Newton, Chuck | 0001 | MTC-00005697
Newton, Dennis | 0001 | MTC-00003491
Newton, Michael | 0001 | MTC-00020180
Newton, Robert | 0001 | MTC-00001657
Nez, John | 0002 | MTC-00006266
Ngo, KY | 0001 | MTC-00030763
Nicholls, Bill | 0003 | MTC-00022904
Nicholoff, Patricia | 0001 | MTC-00007779
Nichols, Betty | 0001 | MTC-00031768
Nichols, Cynthia | 0001 | MTC-00001681
Nichols, Daniel | 0006 | MTC-00019126
Nichols, David S. | 0002 | MTC-00003608
Nichols, Edward | 0001 | MTC-00017719
Nichols, Eric | 0001 | MTC-00017792
Nichols, Robert | 0001 | MTC-00020837
Nichols-Dawson, Beverly | 0001 | MTC-00006285
Nicholson, Kenneth | 0001 | MTC-00005824
Nicholson, Michael | 0001 | MTC-00004316
Nicholson, Steve | 0001 | MTC-00001253
Nicholson-Owens, J.B. | 0003 | MTC-00027175
Nickel, Art | 0001 | MTC-00003308
Nickerson, Frank | 0001 | MTC-00003435
Nickle, Michael | 0002 | MTC-00022593
Nicklin, Peter | 0002 | MTC-00026292
Nicksay, Alex | 0002 | MTC-00022258
Nicoletti, Rick | 0001 | MTC-00015751
Nicoloff, Cathy | 0001 | MTC-00015014
NicSca@ aol.com | 0001 | MTC-00007859
Niederman, Bob | 0002 | MTC-00000129
Niederman, Bob | 0001 | MTC-00003640
Niedermeyer, Franz | 0001 | MTC-00015882
Niell, Jose P. | 0001 | MTC-00000621
Nielsen, Alberta | 0001 | MTC-00031915
Nielsen, Christian | 0002 | MTC-00016137
Nielsen, Esben | 0002 | MTC-00016759
Nielsen, Michael S. | 0001 | MTC-00020104
Nielsen, Missy | 0001 | MTC-00029347
Nielson, Thomas | 0001 | MTC-00007602
Niemi, Timothy | 0002 | MTC-00019233
Niertit, Joan | 0001 | MTC-00019124
Niesyto, Allen | 0001 | MTC-00007478
Niesz, Tony | 0001 | MTC-00028515
Niewiek, James | 0002 | MTC-00030808
Nigrini, Peter | 0001 | MTC-00000254
nikolager, Andrey | 0001 | MTC-00024204
Nikoomanesh, Sasan | 0001 | MTC-00006145
Niola, Jon | 0001 | MTC-00014898
Nissen, Jack | 0001 | MTC-00005844
Nitikman | 0002 | MTC-00014465
Nitz, Brian | 0006 | MTC-00026200
Nix, Bob W. | 0001 | MTC-00027275
Nixon, Chuck | 0001 | MTC-00015397
Niyasor, Artur | 0003 | MTC-00023537
no | 0001 | MTC-00014785
No Name | 0001 | MTC-00031380
Noakes, Mark | 0002 | MTC-00000014
Noe, D. | 0001 | MTC-00008112
Noel, Jack R. | 0002 | MTC-00014775
Nofsinger, Charles | 0001 | MTC-00004073
Nolan, Mary Lou | 0001 | MTC-00015108
Nolan, Richard | 0001 | MTC-00019120
Nolde, Kenneth | 0001 | MTC-00025931
Nolen, Jonathan D. | 0001 | MTC-00033363
Nolen, Keith | 0001 | MTC-00003273
Nolto, Tony | 0001 | MTC-00017089
None, Jeff | 0002 | MTC-00015632
none@ nowhere.com | 0001 | MTC-00028714
Noonan, Ed | 0001 | MTC-00002690
Noonan, Thomas P. | 0001 | MTC-00024926
Nordan, Robert Jr. | 0001 | MTC-00025748
Nordgren, David | 0001 | MTC-00027178
Nordhagen, Rune Q. | 0001 | MTC-00001037
Norfly@ aol.com | 0001 | MTC-00008492
Norland, Howard | 0001 | MTC-00004876
Norloff, Chris | 0001 | MTC-00010893
Norman, Dick | 0002 | MTC-00012870
Norman, Jan | 0001 | MTC-00007536
Norman, Marv | 0001 | MTC-00007361
Norman, Marv | 0002 | MTC-00027039
Norman, Veesa | 0002 | MTC-00016655
Norris, Byron | 0001 | MTC-00015819
Norris, Dean | 0001 | MTC-00019623
Norris, Larry | 0001 | MTC-00015650
Norris, Luke | 0001 | MTC-00019962
Norris, Paul | 0001 | MTC-00023421
Norris, Tim l. | 0001 | MTC-00005663
Norskog, Jack | 0001 | MTC-00019371
Norstad, Lyn | 0001 | MTC-00005373
North, Catherine | 0001 | MTC-00008221
North, Ken | 0001 | MTC-00032050
North, Knox | 0001 | MTC-00016402
North, Stephen | 0001 | MTC-00011022
North, Storm | 0001 | MTC-00025115
Northrop, Scott | 0001 | MTC-00003633
Northrup Jr., William | 0001 | MTC-00007071
Northrup, Beryl F. and Norman N. | 0001 | MTC-00025628
Northup, Steven D. | 0002 | MTC-00021573
Northway, Willie | 0001 | MTC-00025918
Norton, Dan | 0001 | MTC-00016631
Norton, Don | 0001 | MTC-00004144
Norton, Douglas | 0001 | MTC-00013718
Norton, Paul | 0001 | MTC-00005452
Nosal, Stephen | 0001 | MTC-00024827
nosettlement@ mem.mailshell.com | 0001 | MTC-00016102
Nottage, Mark E. | 0001 | MTC-00019072
Nottonson, Nancy | 0001 | MTC-00031333
Nottorson, Peter and Nancy | 0001 | MTC-00024448
Nourbakhsh, Fred | 0001 | MTC-00026589
Nova, Clark | 0003 | MTC-00015154
Novacki, Stan | 0001 | MTC-00026966
Novak, Larry | 0001 | MTC-00007646
Novak, Larry | 0001 | MTC-00005278
Novielli, Joe | 0001 | MTC-00001636
Nowack, Aaron E. | 0001 | MTC-00018342
Nowack, Eve & Andre | 0001 | MTC-00030198
Nowakowski, Steve | 0001 | MTC-00021355
Nperricici@ cox.rr.com | 0001 | MTC-00028233
nscobic@ kollsman.com | 0001 | MTC-00015101
Ntlor | 0001 | MTC-00019589
nuage@ asc3fda4.hydro.qc.ca | 0001 | MTC-00016365
Nuessle | 0001 | MTC-00019359
Nuffer, Dan | 0002 | MTC-00016511
Nugent, Bill | 0001 | MTC-00020425
Nugent, Michael | 0002 | MTC-00004927
Nugent, Rodger | 0002 | MTC-00013754
Nugent, Thomas | 0001 | MTC-00005846
Nuger, Fred | 0001 | MTC-00027986
Nule, Brian | 0001 | MTC-00023980
Nunamaker, Michael | 0001 | MTC-00018530
Nungester, Julie | 0001 | MTC-00013201
Nussbaum, James G. | 0001 | MTC-00006060
Nusser, Linda | 0002 | MTC-00026387
Nutter, Mark | 0001 | MTC-00015681
Nuzzolillo, Jared | 0001 | MTC-00014730
NWA | 0001 | MTC-00015400
Ny.. Ny | 0001 | MTC-00007424
Nyberg, Jason | 0001 | MTC-00016857
Nye, Pat | 0001 | MTC-00013375
Nymeyer, Joyce | 0001 | MTC-00009538
Nystrom, Bob | 0002 | MTC-00014768
Nystron, Robert | 0002 | MTC-00014433
O'Boyle, Helen C. | 0004 | MTC-00017506
O'Brien, Al | 0001 | MTC-00025930
O'Brien, David | 0001 | MTC-00027535
O'Brien, James | 0001 | MTC-00006096
O'Brien, Jay | 0002 | MTC-00031790
O'Brien, John | 0002 | MTC-00013370
O'Brien, Michael | 0001 | MTC-00015968
O'Brien, Patrick | 0001 | MTC-00012869
O'Cain, Iain | 0002 | MTC-00010690
O'Callahan, Robert | 0001 | MTC-00015731
O'Connell, Barbara | 0001 | MTC-00018559
O'Connell, Dusty | 0001 | MTC-00018374
O'Connell, Joel | 0001 | MTC-00027853
O'Connell, Michael | 0001 | MTC-00016307
O'Conner, Ed | 0001 | MTC-00021114
O'Connor, Barbara | 0002 | MTC-00024404
O'Connor, Bill | 0010 | MTC-00018483
O'Connor, Kevin R. | 0002 | MTC-00001328
O'Connor, Patrick | 0001 | MTC-00029541
O'Connor, Sheevaun | 0001 | MTC-00029061
O'Connor, Tim | 0001 | MTC-00006281
O'Connor, Zot | 0002 | MTC-00014895
O'Connor-Rose, Joshua | 0001 | MTC-00018859
O'Dell, Jim | 0001 | MTC-00004534
O'Dell, Leon | 0001 | MTC-00012830
O'Donnell, David | 0001 | MTC-00022801
O'Donnell, Ed | 0002 | MTC-00030971
O'Donnell, John | 0001 | MTC-00030247
O'Donnell, John | 0001 | MTC-00029877
O'Donnell, Mike | 0004 | MTC-00019224
O'faherty, JohnWHite, Carol L. | 0002 | MTC-00031071
O'Grady, Patrick | 0001 | MTC-00001883
O'Grady, Sean M. | 0001 | MTC-00019804
O'Hara, John & Dorothy | 0001 | MTC-00008219
O'Hare, John | 0001 | MTC-00026307
O'Hare, Sheilagh | 0001 | MTC-00016339
O'Hare, Tim | 0002 | MTC-00009102
O'Hern, Tom | 0001 | MTC-00009702
O'Laughlin, Shawn | 0001 | MTC-00013152
O'Leary, Owen | 0001 | MTC-00020565
O'Leary, Robert P. | 0001 | MTC-00030815
O'Mahoney, Kevin | 0001 | MTC-00016830
O'Meara, John D. | 0001 | MTC-00008840
O'Meara, Nathan | 0002 | MTC-00022526
O'Neal, C.W. | 0001 | MTC-00006671
O'Neal, Lola | 0001 | MTC-00011627
O'Neil, Scott | 0002 | MTC-00002386
O'Neill, Cliff | 0001 | MTC-00023466
O'Neill, Kevin | 0001 | MTC-00026691
O'Neill, Michael | 0002 | MTC-00020469
O'Neill, Michael J. | 0001 | MTC-00019401
O'Rear, Robert | 0001 | MTC-00023288
O'Rear, Robert | 0001 | MTC-00006029
O'Reilly, Edward J. | 0001 | MTC-00024256
O'Reilly, Robert W. | 0001 | MTC-00005936
O'reilly, Tim | 0002 | MTC-00003681
O'Riley, Catherine | 0001 | MTC-00013680
O'Roake, Louise | 0001 | MTC-00006692
O'Rourke, David | 0001 | MTC-00001485
O'Shaughnessy, Kevin | 0001 | MTC-00015185
O'Shea, Timothy | 0002 | MTC-00026841
O'Sullivan, Paul | 0002 | MTC-00029830
O'Tolle, Tom | 0002 | MTC-00028348
O'Mara, Martin E. | 0001 | MTC-00015142
Oakes, John | 0002 | MTC-00026389
Oakes, Josh | 0001 | MTC-00016854
Oakley, Berl R. | 0002 | MTC-00004431
Oakley, David J. | 0001 | MTC-00011713
Oalkeaf, Christopher | 0003 | MTC-00026750
Obenchain, Michael | 0001 | MTC-00016927
Ober, Jeff | 0001 | MTC-00003649
Obernauer, John | 0002 | MTC-00013477
Oberrender, Girard F. | 0001 | MTC-00007504
Oberst, Jeff | 0001 | MTC-00008855
Ocain, Lawton | 0001 | MTC-00030207
Ochel, Henry Jr. | 0001 | MTC-00030005
Ochs, Abigail | 0001 | MTC-00009814
Ockerbloom, Adelia | 0001 | MTC-00031336
Ocsirf, Esor | 0002 | MTC-00003682
Odegard, Erik | 0001 | MTC-00004023
Odegard, Mike | 0001 | MTC-00003843
Odenheimer, Marie L. | 0001 | MTC-00029549
Odgis, Jeff | 0001 | MTC-00018237
Odoi, Mas | 0001 | MTC-00029540
Odom, David G. | 0001 | MTC-00008702
Odom, Duane | 0001 | MTC-00010819
Oedone, Vincent | 0001 | MTC-00031001
Oekerman, Victor | 0001 | MTC-00007376
Oelin, Frank | 0001 | MTC-00016083
Oetken, Erwin | 0001 | MTC-00029924
Offitt, Beverly | 0001 | MTC-00028545
Ogburn, Lois | 0001 | MTC-00007960
Ogden, Greg | 0001 | MTC-00007563
Ogden, Kim | 0001 | MTC-00029101
Ogden, William A. | 0002 | MTC-00004117
Ogg, Robert | 0001 | MTC-00024885
Ogle, Craig | 0001 | MTC-00004727
Ogle, Paul W. | 0001 | MTC-00006614
Ogletree, Joe | 0001 | MTC-00021034
Ogus, William | 0001 | MTC-00015999
Ohl, Michael | 0001 | MTC-00031006
Ohment, Steven | 0001 | MTC-00025372
Ohmeryhew@ aol.com | 0001 | MTC-00005959
Oja, Gary | 0001 | MTC-00029171
Okubu, Hikaru | 0001 | MTC-00008179
Okumara, Kirk | 0001 | MTC-00028954
OKUNMD@ aol.com | 0001 | MTC-00013146
Okuyama, Darin H. | 0001 | MTC-00026891
Oldman, Murray | 0001 | MTC-00005556
Oldroyd, Cathey | 0002 | MTC-00031570
Olegar, David | 0001 | MTC-00000858
Olegar, David | 0001 | MTC-00000859
Olend, Peter | 0002 | MTC-00028327
Oleson, Brent | 0001 | MTC-00030493
Olinger, Keith | 0001 | MTC-00008012
Oliva, Pablo | 0002 | MTC-00003799
Oliva, Pablo | 0002 | MTC-00033818
Oliva, Skip | 0003 | MTC-00027333
Oliver, Andrew C. | 0001 | MTC-00000820
Oliver, Andy | 0001 | MTC-00028462
Oliver, Don | 0001 | MTC-00019904
Oliver, Don | 0001 | MTC-00000761
Oliver, Jim | 0001 | MTC-00008883
Oliver, John | 0001 | MTC-00018593
Oliver, Phil | 0002 | MTC-00021771
Oliver, Ted | 0001 | MTC-00017220
Olivier, Lia | 0001 | MTC-00014804
Ollerenshaw, Richard | 0001 | MTC-00004180
Ollodart, Peter | 0001 | MTC-00025241
Olofson, Paul | 0003 | MTC-00027266
Olsen, Brian | 0001 | MTC-00016918
Olsen, Chad | 0002 | MTC-00031914
Olsen, Charles | 0001 | MTC-00013187
Olsen, Lorin | 0002 | MTC-00000817
Olsen, Martin R. | 0001 | MTC-00009018
Olsen, Mildred | 0001 | MTC-00027582
Olsen, Peter | 0001 | MTC-00003558
Olsen, Peter | 0001 | MTC-00009342
Olsen, S. | 0001 | MTC-00023756
Olson, Chris | 0001 | MTC-00000898
Olson, Duane L. | 0001 | MTC-00004799
Olson, Elmer A. | 0001 | MTC-00026744
Olson, Gary | 0001 | MTC-00008610
Olson, Greg | 0001 | MTC-00011798
Olson, Jeffrey | 0001 | MTC-00029899
Olson, Jim | 0001 | MTC-00007765
Olson, Lee | 0001 | MTC-00015601
Olson, Lloyd | 0001 | MTC-00006077
Olson, Matthew | 0003 | MTC-00000933
Olson, Matthew | 0001 | MTC-00016435
Olson, Paul | 0001 | MTC-00018518
Olson, Quentin | 0001 | MTC-00018886
Olszewski, James | 0002 | MTC-00001179
Olthoff, John | 0001 | MTC-00010151
Omta, Lela | 0001 | MTC-00006901
Omta, Lela | 0001 | MTC-00025607
Onalan, Alp | 0001 | MTC-00013712
Ondell, Paul | 0001 | MTC-00007515
Oneil, William | 0001 | MTC-00007936
Oneto, Robert | 0005 | MTC-00019158
Ong, Ronny | 0002 | MTC-00004854
Onofrietti, Phyllis | 0001 | MTC-00005337
onrobb@ brightok.net | 0001 | MTC-00017224
Onstad, Mask | 0001 | MTC-00017755
Opavska, Maya | 0001 | MTC-00008844
Opfer, John | 0001 | MTC-00014492
Opificins, Julian | 0001 | MTC-00004199
Opnotic | 0001 | MTC-00002715
Oppel, Jason | 0001 | MTC-00015236
Oquist, Matt | 0001 | MTC-00018363
Ordorica, Anthony | 0001 | MTC-00017823
Orell, Brian D. | 0001 | MTC-00016796
Orff, Richard A. | 0002 | MTC-00019774
Organ, Brock | 0001 | MTC-00015308
Orlancella, John W. | 0001 | MTC-00028758
Orman, David | 0001 | MTC-00016290
ORourke, Mike | 0001 | MTC-00000324
Orpeza, Jenny | 0002 | MTC-00009925
Orphanos, Paul | 0002 | MTC-00003737
Orr, Helen | 0002 | MTC-00033459
Orr, Mark | 0001 | MTC-00024009
Orr, Steve | 0001 | MTC-00007411
Orr, Steven | 0002 | MTC-00004928
Orser, Lynn | 0001 | MTC-00005213
Orsini, Rob | 0001 | MTC-00018296
Orth, John | 0001 | MTC-00020585
Ortiz, Alsida | 0002 | MTC-00027954
Ortiz, Cesar | 0002 | MTC-00027942
Ortiz, Eddie | 0002 | MTC-00028008
Ortiz, Gigi | 0001 | MTC-00028013
Ortiz, Janie | 0002 | MTC-00027974
Ortiz, Joseph | 0001 | MTC-00027966
Ortiz, Marylin | 0001 | MTC-00027989
Ortiz, Oscar | 0001 | MTC-00031909
Ortiz, Romeo | 0002 | MTC-00027995
Orton, Steve and Suzanne | 0002 | MTC-00028328
Orzech, Mark | 0001 | MTC-00006261
Osborn, Gary and Mary | 0001 | MTC-00026083
Osborn, John | 0002 | MTC-00019437
Osborn, Ronald J. | 0001 | MTC-00010956
Osborn, Stephen M and Adrienne G | 0001 | MTC-00027046
Osborne, Allan G. | 0001 | MTC-00029312
Osborne, John | 0001 | MTC-00012913
Osborne, Kathleen | 0002 | MTC-00014189
Osburn, Joel | 0002 | MTC-00024660
Osgood, Jason | 0001 | MTC-00003239
Osheroff, Pete | 0001 | MTC-00019229
Osman, Ray | 0001 | MTC-00006944
Osmolskis, Tadas | 0001 | MTC-00016350
Osolkowski, Larry | 0001 | MTC-00015282
Ossenbruggen, Paul | 0001 | MTC-00002359
Osterhout, Robert | 0001 | MTC-00005139
Ostertag, Sam | 0001 | MTC-00011359
Ostrowski, Michal | 0002 | MTC-00003596
Oswald, Dain G. | 0002 | MTC-00019911
Otterson, Jeff | 0001 | MTC-00016065
Otterstrom, Rich | 0001 | MTC-00010369
Otto | 0001 | MTC-00023313
Otto, J. C. | 0001 | MTC-00007512
Otto, Steve | 0001 | MTC-00016882
Otwell, Ken | 0002 | MTC-00005047
Oualline, Steve | 0002 | MTC-00009826
Oughton, Tom | 0002 | MTC-00013773
Ours, Susanne | 0001 | MTC-00009598
Ousterhout, John | 0002 | MTC-00016749
Ousterman, Walter | 0001 | MTC-00031907
Outsieber | 0001 | MTC-00011278
Ouzts, John A. | 0001 | MTC-00012801
Overbeck, Randy | 0001 | MTC-00016894
Overberg, Kurt | 0001 | MTC-00018852
Overfelt, Dave S. | 0001 | MTC-00030724
Overholser, Mark | 0001 | MTC-00010312
Overleese, John J. | 0001 | MTC-00006426
Overler, Robert L. | 0001 | MTC-00009447
Overly, James | 0002 | MTC-00018074
Overman, Cogan | 0001 | MTC-00029682
Overson, D. S. | 0001 | MTC-00007373
Overstreet, james F. | 0001 | MTC-00008426
Overton, Michael | 0001 | MTC-00014372
Owen, Betty | 0001 | MTC-00033845
Owen, Christopher | 0001 | MTC-00020349
Owen, Howard | 0003 | MTC-00003680
Owen, J. Todd | 0001 | MTC-00015554
Owen, Mike | 0002 | MTC-00014796
Owen, Sandy | 0001 | MTC-00026821
Owen, Tom | 0003 | MTC-00012607
Owen, Tulita | 0001 | MTC-00007500
Owens, Bill | 0001 | MTC-00016198
Owens, Gene | 0001 | MTC-00005078
Owens, Lou | 0001 | MTC-00004586
Owens, Mike | 0001 | MTC-00017844
owner@ thehitchgroup.com | 0001 | MTC-00017341
Owsiany, David | 0002 | MTC-00024876
Owsiany, David J. | 0003 | MTC-00024760
Oxenreider, Chris | 0004 | MTC-00027253
Oxford, Sandra | 0002 | MTC-00031175
Oxner, Edwin S. | 0001 | MTC-00025538
Ozymandias | 0002 | MTC-00003889
P., Maurice | 0001 | MTC-00018123
Pace, Lisa | 0001 | MTC-00030871
Pace, Peter | 0001 | MTC-00032078
Pachik, Kurt D. | 0001 | MTC-00018858
Paciaffi, Dewey | 0001 | MTC-00017645
Pack, Beckie | 0001 | MTC-00022506
Pacuarariu, Radu | 0001 | MTC-00012864
Padden, Phillip | 0001 | MTC-00017476
Padfield, Jeremy | 0001 | MTC-00017588
Padgett, Ben | 0001 | MTC-00004359
Padgett, Walter | 0001 | MTC-00001156
Paeschke, Pichard | 0002 | MTC-00029911
Pafruti, Rugbuz | 0003 | MTC-00003801
Paganihi | 0001 | MTC-00026126
Page, Frederick | 0001 | MTC-00009902
Page, Gary R. | 0001 | MTC-00001170
Page, Greg | 0001 | MTC-00018912
Page, Leslie | 0001 | MTC-00010675
Page, Nicholas | 0001 | MTC-00006701
Page, W. Scott | 0002 | MTC-00022741
Pagett, Hugh W. | 0001 | MTC-00009884
Pagge, Steve | 0001 | MTC-00027042
Paige, Ruth and Al | 0001 | MTC-00012788
Pajetta, Richard | 0001 | MTC-00007632
Pakman, David | 0003 | MTC-00002225
Pakovic, Michael | 0002 | MTC-00027296
Palfini, Ted | 0001 | MTC-00006389
Pallette, Peter | 0001 | MTC-00007205
Pallette, Peter | 0001 | MTC-00012711
Pallickal, Lindsay | 0001 | MTC-00019939
Palmer, Alan | 0002 | MTC-00018057
Palmer, Barbara R. | 0001 | MTC-00009594
Palmer, Dexter | 0001 | MTC-00016982
Palmer, E. | 0001 | MTC-00013584
Palmer, Gary | 0001 | MTC-00003526
Palmer, James F. | 0001 | MTC-00001416
Palmer, Jay | 0001 | MTC-00026504
Palmer, Margaret | 0002 | MTC-00031906
Palmer, Rick | 0001 | MTC-00001821
Palmere, WIlliam S. | 0001 | MTC-00026856
Palmo, Alexander | 0001 | MTC-00003654
Palmquist, Carolyn | 0001 | MTC-00028422
Paloheimeo Rolf | 0001 | MTC-00004389
Paluchniak, T. | 0001 | MTC-00004394
Paluchniak, Thomas | 0002 | MTC-00013202
Paluchniak, Thomas | 0003 | MTC-00025789
Palumbo, Eileen J. | 0001 | MTC-00027273
Palumbo, Philip | 0001 | MTC-00007802
Palumbo, Tony | 0001 | MTC-00008340
Pampuch, John | 0001 | MTC-00000566
Panasuk, Steve | 0001 | MTC-00018913
Pandre, Dan | 0002 | MTC-00005027
Pane, Fred | 0002 | MTC-00013173
Panganiban, Gerry | 0001 | MTC-00023235
Panix | 0001 | MTC-00000412
PanKavich, Joan M. | 0001 | MTC-00032473
Pannisi, Sheldon | 0001 | MTC-00020265
Panoff, Robert M. | 0001 | MTC-00000332
Pantin, Ramon | 0001 | MTC-00027536
Panzanella, Marco | 0003 | MTC-00015409
Panzer, John | 0001 | MTC-00019885
Paoletti, Joseph | 0001 | MTC-00026149
Paolo@ TheCornerStore.com | 0001 | MTC-00011300
Pap, Bob | 0001 | MTC-00005945
Papa, Frank | 0001 | MTC-00015536
Papaioanna, Michael | 0001 | MTC-00005470
Papanicolao, George J. | 0002 | MTC-00027937
Pape, Rodger | 0001 | MTC-00003222
Papp, George | 0001 | MTC-00026859
Pappin, James | 0002 | MTC-00025361
Papsdorf, Vivian | 0001 | MTC-00000624
Paquette, Art | 0001 | MTC-00006758
Paquette, Robert | 0002 | MTC-00010579
Paquin, Charles-Etienne | 0002 | MTC-00001914
Parabs, Marlin E. | 0002 | MTC-00007466
Paradis, Zachary | 0001 | MTC-00024720
Paramesh, Vivek | 0001 | MTC-00000169
Paraso, Amor | 0002 | MTC-00028269
Paraso, Ariel | 0002 | MTC-00028316
Paraso, Debbie | 0002 | MTC-00028324
Paraso, Nimfa | 0002 | MTC-00028297
Parayil, Binu | 0001 | MTC-00016430
Parcells, Margaret | 0001 | MTC-00032013
Parchinski, Sharon | 0001 | MTC-00018836
Pardasani, Niranjan | 0002 | MTC-00026590
Pardon, Luc | 0001 | MTC-00025798
Pareek, Sanjeev | 0001 | MTC-00030385
Parekh, Narendra | 0001 | MTC-00008212
Parent, Evelyn | 0002 | MTC-00030217
Parfomak, Andrew | 0002 | MTC-00002702
Parikh, David | 0002 | MTC-00027377
Paris, Steve | 0001 | MTC-00026568
Parish, Scott | 0001 | MTC-00017440
Park, Andrew | 0003 | MTC-00015709
Park, Christopher | 0001 | MTC-00016242
Park, Collin | 0002 | MTC-00031074
Park, Colllin | 0003 | MTC-00031073
Park, Daniel | 0001 | MTC-00013472
Park, Henry | 0001 | MTC-00025392
Park, I.E. | 0001 | MTC-00008386
Park, Jack | 0001 | MTC-00016229
Park, Jon | 0001 | MTC-00018490
Park, Leonard | 0002 | MTC-00022315
Park, William | 0001 | MTC-00028051
Parkan, John Michael | 0001 | MTC-00012820
Parker, Brent | 0001 | MTC-00014388
Parker, Charlie | 0001 | MTC-00010716
Parker, Chris | 0001 | MTC-00017731
Parker, David | 0001 | MTC-00025510
Parker, Jerry | 0001 | MTC-00030766
Parker, Joanna | 0003 | MTC-00028847
Parker, Joe | 0001 | MTC-00031929
Parker, Kahtleen K. | 0001 | MTC-00030313
Parker, Kenneth R. | 0001 | MTC-00007938
Parker, Mark | 0001 | MTC-00018455
Parker, Michael | 0001 | MTC-00027229
Parker, Michael P. | 0001 | MTC-00009278
Parker, Robert | 0001 | MTC-00015256
Parker, Russell | 0001 | MTC-00004778
Parker, Sheila | 0002 | MTC-00021897
Parker, Stan | 0007 | MTC-00029982
Parker, Steve | 0002 | MTC-00000429
Parker, Steve | 0001 | MTC-00006306
Parker, Steve | 0001 | MTC-00011811
Parker-Fasel, Aaron | 0001 | MTC-00020209
Parks, Chuck | 0001 | MTC-00014561
Parlante, Nick | 0003 | MTC-00029065
Parlow, Marlene | 0001 | MTC-00011509
Parnette, Joseph | 0001 | MTC-00025048
Parrillo, Joseph L. | 0001 | MTC-00023712
Parris, Tom | 0001 | MTC-00030877
Parrish, J. Edwin | 0001 | MTC-00014214
Parrott, Stephen | 0001 | MTC-00000108
Parry, Diane | 0001 | MTC-00008343
Parry, Paul H. | 0002 | MTC-00025106
Parsh, Dave | 0001 | MTC-00028363
Parson, Connie | 0001 | MTC-00020885
Parsons, David | 0001 | MTC-00005051
Parsons, Ray | 0002 | MTC-00005155
Parsons, Robert G. | 0002 | MTC-00005283
Parsons, Sean | 0002 | MTC-00005259
Parsons, Thomas G. | 0002 | MTC-00023061
Partezana, Chris | 0001 | MTC-00011158
Partridge, Charlotte | 0001 | MTC-00015207
Partridge, Rand | 0001 | MTC-00015128
Partridge, Todd | 0001 | MTC-00023284
Partsch, Michael | 0001 | MTC-00013893
Partyka, Marlene | 0001 | MTC-00029567
Parziale, John | 0001 | MTC-00004198
Pasciutti, Lawrence | 0001 | MTC-00002388
Pascucci, Jason | 0001 | MTC-00020288
pasqualini@ hotmail.com | 0001 | MTC-00010349
Passannante, John | 0001 | MTC-00003163
Passino, Shirley | 0001 | MTC-00030149
Past, Charles I. | 0001 | MTC-00027034
Pastone, Jeremy | 0001 | MTC-00015692
Pastuszak, Andy | 0002 | MTC-00015269
Pasulka, Andy | 0001 | MTC-00026680
Pataki, Elaine | 0001 | MTC-00031304
Patchen, Steve | 0001 | MTC-00006850
Pate, Richard | 0001 | MTC-00013182
Pate, Tom | 0001 | MTC-00005250
Patel, Ameesh | 0001 | MTC-00019346
Patel, Bhanue | 0003 | MTC-00028755
Patel, Hermant C. | 0001 | MTC-00025901
Patel, Thakor G. | 0001 | MTC-00011404
patinmur@ aol.com | 0001 | MTC-00028164
Patitucci, Frank | 0002 | MTC-00027812
Patlidzanov, Ilia | 0001 | MTC-00009087
Patm378@ aol.com | 0001 | MTC-00007535
Patrick, Clifton | 0001 | MTC-00009511
Patrick, Daly | 0001 | MTC-00025395
Patrick, Kevin | 0001 | MTC-00006854
patrickplozk@ aol.com | 0001 | MTC-00028636
Pats413@ aol.com | 0001 | MTC-00005930
Patsy.Sampson@ worldnet.att.net | 0001 | MTC-00010474
Patten, Betsey | 0001 | MTC-00033702
Patterson, Aaron | 0001 | MTC-00016186
Patterson, Bob | 0002 | MTC-00028028
Patterson, Clayton | 0002 | MTC-00033462
Patterson, Dale | 0001 | MTC-00022238
Patterson, Glenn | 0001 | MTC-00016224
Patterson, Jim | 0001 | MTC-00019261
Patterson, Paul and Julie | 0001 | MTC-00020827
Patterson, Robert J. II | 0004 | MTC-00027581
Patti, Tony | 0001 | MTC-00000195
Patton, Kirk | 0001 | MTC-00015761
Patton, Kyle L. | 0001 | MTC-00006293
Paul | 0001 | MTC-00005735
Paul | 0001 | MTC-00000581
Paul, Linda | 0001 | MTC-00009003
Paul, Mack | 0001 | MTC-00031832
Paul, Rand | 0001 | MTC-00014693
Paul, Ray | 0001 | MTC-00007112
paul-henry.hyppolite@ sandvik.com | 0001 | MTC-00017229
Paul.Belt@ LibertyMutual.com | 0001 | MTC-00015344
paulbarker—1@ yahoo.com | 0001 | MTC-00028620
Paulick, Nicholas | 0001 | MTC-00017696
Paulin, Jeff | 0001 | MTC-00006406
Pauline, Jim | 0001 | MTC-00006576
Paulk, Ron | 0001 | MTC-00029471
Paulo, Joe | 0002 | MTC-00026260
Paulson, John | 0003 | MTC-00033545
Paulson, John | 0003 | MTC-00027458
Paulus, Owen | 0001 | MTC-00006967
Pauwels Sr., Bill | 0002 | MTC-00032724
Pavao, Aaron | 0001 | MTC-00016393
Pavelchek, Andrew | 0001 | MTC-00017991
Pavlik, Paul | 0001 | MTC-00019635
Pavloski, Cuetan | 0003 | MTC-00030636
Pavlow, Marlene | 0001 | MTC-00006012
PAwlack, Betty | 0002 | MTC-00033606
Pawlan, Norman | 0001 | MTC-00006556
Pawlenty, Tim | 0001 | MTC-00028437
Pawson, Duane | 0001 | MTC-00016598
Pawson, Jerri | 0002 | MTC-00030108
Paxton, James | 0001 | MTC-00005132
Paylor, Steve | 0001 | MTC-00005942
Payne, David | 0001 | MTC-00031714
Payne, Evelyn H. | 0001 | MTC-00011989
Payne, Kenneth | 0001 | MTC-00013418
Payne, Kerry | 0001 | MTC-00017007
Payne, Michael | 0001 | MTC-00030886
Payne, Ralph | 0001 | MTC-00030879
Payne, Scott | 0002 | MTC-00006276
Payne, Timothy | 0001 | MTC-00002930
Payton, Noah | 0001 | MTC-00019562
Pazevic, Anastas | 0002 | MTC-00026981
Pccorral | 0001 | MTC-00008705
PDonoso@ amanet.org | 0001 | MTC-00028682
pdp216@ msn.com | 0001 | MTC-00028147
pdunn70065@ yahoo.com | 0001 | MTC-00012749
Peacock, Alen | 0001 | MTC-00015642
Peacock, David | 0001 | MTC-00003705
Peacock, Geoff | 0001 | MTC-00016372
Peake, Ron | 0001 | MTC-00020096
Pear, Matt | 0001 | MTC-00016844
Pearce, Angela | 0002 | MTC-00020068
Pearce, Brandon | 0002 | MTC-00017836
Pearce, Chris | 0001 | MTC-00003090
Pearce, Jeff | 0001 | MTC-00011467
Pearce, Jim | 0002 | MTC-00018574
Pearce, Mike and Hazel | 0001 | MTC-00007153
Pearce, Robert | 0001 | MTC-00007079
Pearey, David | 0003 | MTC-00001663
Pearl, Kerry | 0001 | MTC-00006333
Pearl, William T. | 0002 | MTC-00019586
Pearlman Jef | 0001 | MTC-00027842
Pearlmutter, Barak | 0001 | MTC-00018161
Pearlstein, Arona | 0002 | MTC-00020700
Pearre, Ben | 0001 | MTC-00004110
Pearson, Alden and Anna | 0003 | MTC-00031945
Pearson, Conrad | 0001 | MTC-00009546
Pearson, William | 0002 | MTC-00009837
Pease, George and Valerie | 0001 | MTC-00029056
Pease, Michael | 0001 | MTC-00019115
Peay, Michael | 0001 | MTC-00018570
Peca, Anthony | 0001 | MTC-00033707
Peck, Andrew | 0001 | MTC-00004103
Peck, Chuck | 0001 | MTC-00022343
Peck, Geoffry | 0004 | MTC-00029528
Peck, Greg | 0001 | MTC-00009435
Peck, Tom | 0001 | MTC-00026926
PEDAMNER@ aol.com | 0001 | MTC-00003924
Pedde, Ron | 0001 | MTC-00016055
Pedersen, John E. | 0001 | MTC-00031952
Pedersen, Marian | 0002 | MTC-00021345
Pederson, Curt | 0002 | MTC-00003726
Pederson, Curt | 0001 | MTC-00015581
Pederson, Dale | 0001 | MTC-00004050
Pedgrift, Marilyn | 0001 | MTC-00025684
Pedgrift, Marlyn | 0001 | MTC-00005796
Pedriana, Paul | 0001 | MTC-00032310
Pedue, Greer | 0001 | MTC-00016286
Peebles, Jim | 0001 | MTC-00006385
Peele, Ellwood L. | 0001 | MTC-00002498
Peele, Michael | 0001 | MTC-00004699
Peenbeen@ aol.com | 0001 | MTC-00006264
Pegoraro, Rob | 0004 | MTC-00027533
Peiffer, Jeff | 0001 | MTC-00015104
Peirce, Kenny | 0002 | MTC-00019050
Pellegrini, Jand C. | 0001 | MTC-00025979
Pellegrini, Wendy | 0002 | MTC-00027713
Pellegrino, Jim | 0001 | MTC-00033712
Pellerin, Jason | 0001 | MTC-00016125
Pellet, Robert | 0001 | MTC-00011709
Pelletier, Yves | 0001 | MTC-00014887
Peluso, Aaron | 0001 | MTC-00004786
Pelzl, Paul | 0001 | MTC-00016833
Pence, Jamie | 0001 | MTC-00024698
Pence, William | 0001 | MTC-00002177
Pence, William | 0001 | MTC-00026858
Pendelton, Bob | 0001 | MTC-00016883
Pendergast, Patricia F. | 0001 | MTC-00026011
Pendleton, Nathaniel | 0002 | MTC-00024952
Penin, Lew | 0001 | MTC-00003849
Penn, Steve | 0002 | MTC-00014232
Penney, Ian | 0001 | MTC-00016468
Pennie, Jason | 0001 | MTC-00015708
Penning, Ben | 0001 | MTC-00018581
Pennington, Craig | 0002 | MTC-00016538
Pennington, Gordon | 0001 | MTC-00005835
Pennington, Joshua | 0001 | MTC-00021700
Pennington, Walt | 0001 | MTC-00013851
Pennock, Ruth | 0001 | MTC-00007883
Penny, Doug | 0001 | MTC-00006291
Penquerch, Vincent | 0002 | MTC-00015229
Penrose, Christopher | 0001 | MTC-00018163
people@ gaffle.com | 0001 | MTC-00017975
Peoples, John | 0001 | MTC-00005589
Peper, Chuck | 0001 | MTC-00028802
Pepin, Joyce | 0001 | MTC-00020554
Pepler, Dennis | 0001 | MTC-00022814
Pepple, Scott | 0002 | MTC-00016228
Pequipment@ aol.com | 0001 | MTC-00017294
Perara, Frank | 0001 | MTC-00027516
Perberthay, Stratton | 0001 | MTC-00016720
Percell, Patrick | 0002 | MTC-00028292
Percira, Horace | 0001 | MTC-00031098
Perdriau, Bob | 0001 | MTC-00002713
Perdue, David | 0001 | MTC-00011714
Pereira, Niho R. | 0001 | MTC-00017999
Perez, Enrique C. | 0001 | MTC-00005604
Perez, Nicholas | 0001 | MTC-00016526
Perez, William | 0002 | MTC-00002279
Perez-Lopez, Andrew | 0001 | MTC-00018136
Perfilio@ aol.com | 0001 | MTC-00006378
Perham, Mike | 0001 | MTC-00015583
Perkes, Saul | 0001 | MTC-00003241
Perkins, Dennis | 0001 | MTC-00015145
Perkins, James T. | 0001 | MTC-00018429
Perkins, Jena | 0001 | MTC-00018041
Perkins, Mike | 0001 | MTC-00008279
Perkins, Quinn | 0001 | MTC-00004459
Perkins, Thane | 0001 | MTC-00028277
Perley, Richmond | 0002 | MTC-00033584
Perno, Glory | 0001 | MTC-00007650
Pernovsek, Jay | 0003 | MTC-00027559
Perrault, Brian | 0001 | MTC-00004517
Perrell, Charles | 0001 | MTC-00007240
Perrella, Anthony | 0001 | MTC-00029787
Perrin, Jeff | 0001 | MTC-00000658
Perrino, Thea | 0001 | MTC-00030031
Perrotto III, William A. | 0001 | MTC-00004184
Perry, Cheri | 0001 | MTC-00031478
Perry, Elgin | 0001 | MTC-00004011
Perry, James R. | 0002 | MTC-00023965
Perry, Jim | 0001 | MTC-00000529
Perry, Michael | 0001 | MTC-00003759
Perry, Philip | 0002 | MTC-00016303
Perscall, Leslie | 0001 | MTC-00031231
Pershall, Linda | 0001 | MTC-00008518
Person, Lawrence | 0003 | MTC-00027065
Personett, Keith R. | 0002 | MTC-00018615
Persson, Anders | 0001 | MTC-00010623
Peschko, Edward | 0001 | MTC-00018132
Pesta, Paul | 0001 | MTC-00001674
Pestronk, Mike | 0001 | MTC-00005049
Peter | 0001 | MTC-00020281
Peter | 0004 | MTC-00003411
Peter | 0001 | MTC-00015066
peter.heinen@ homestreetbank.com | 0001 | MTC-00011304
peterdeanwi | 0001 | MTC-00021387
Peterke, Reiner | 0001 | MTC-00014939
Peterman, Dan | 0001 | MTC-00018071
Peters, Christopher A. | 0001 | MTC-00029276
Peters, John | 0002 | MTC-00005072
Peters, Ryan F. | 0001 | MTC-00005703
Peters, Sara | 0001 | MTC-00009263
Peters, Stephen | 0001 | MTC-00016581
Peters, Susan | 0002 | MTC-00033433
Peters, William | 0002 | MTC-00033431
Petersen, Derek | 0001 | MTC-00018608
Petersen, Peter | 0003 | MTC-00018526
Petersen, Rodney J. | 0001 | MTC-00028892
Peterson II, Peter A. | 0002 | MTC-00018477
Peterson Jordan | 0001 | MTC-00017016
Peterson, Agnes and Roland | 0001 | MTC-00025506
Peterson, Bill | 0001 | MTC-00003183
Peterson, Bob | 0002 | MTC-00028465
Peterson, Brian | 0002 | MTC-00025976
Peterson, Chris | 0001 | MTC-00015174
Peterson, Chuck | 0001 | MTC-00005841
Peterson, David | 0001 | MTC-00017240
Peterson, Forest | 0001 | MTC-00026424
Peterson, Guy | 0002 | MTC-00001521
Peterson, Howard | 0001 | MTC-00024934
Peterson, Jean | 0001 | MTC-00027943
Peterson, Joan | 0001 | MTC-00002362
Peterson, Kim | 0001 | MTC-00007260
Peterson, Larry | 0001 | MTC-00013579
Peterson, Lauren | 0003 | MTC-00016805
Peterson, Rick | 0001 | MTC-00024694
Peterson, Roland | 0001 | MTC-00030829
Peterson, Ron | 0002 | MTC-00029304
Peterson, Scott | 0001 | MTC-00000580
Peterson, Theresa | 0001 | MTC-00019366
Peterson, Warren | 0001 | MTC-00020881
Peterson, Wayne | 0001 | MTC-00010191
Peterson, Wes | 0001 | MTC-00004620
Peterson, William | 0002 | MTC-00030311
Peterson, William | 0001 | MTC-00009392
Peterson, William D. | 0001 | MTC-00007138
Petillo, John | 0001 | MTC-00023100
Petit, B. | 0001 | MTC-00004386
Petko, Alice | 0001 | MTC-00011910
Petkovsek, Cory | 0002 | MTC-00022722
Petolillo, Robert | 0002 | MTC-00027931
Petracca, Thomas J. | 0001 | MTC-00020965
Petrane, Raymond | 0001 | MTC-00013604
Petree, Russell | 0001 | MTC-00016391
Petrocci, John | 0001 | MTC-00007668
Petroci Jr., John J. | 0001 | MTC-00030471
Petroci, Michelle Salom | 0001 | MTC-00026134
Petrone, Ray | 0004 | MTC-00026059
Petrone, Raymond | 0001 | MTC-00003906
Petrone, Raymond | 0001 | MTC-00004339
Petrov, George | 0001 | MTC-00020307
Petrulakis, George | 0002 | MTC-00031741
Petrusz, Robert | 0001 | MTC-00015484
Petry, Aaron | 0001 | MTC-00020583
Petry, Shannon | 0001 | MTC-00003836
Pettengill, Ron and Marylou | 0001 | MTC-00028771
Petty, Liz | 0001 | MTC-00016444
Petty, Robert | 0001 | MTC-00031724
Petty, Scott | 0002 | MTC-00033636
Pevear, Sid and Anita | 0001 | MTC-00013615
Pexton, John | 0001 | MTC-00031968
Pfaff, Steven M. | 0001 | MTC-00014633
Pfeiffer, Chuck | 0002 | MTC-00000027
Pfisterer, Adrian | 0001 | MTC-00003865
Pfotenhauer, Nancy | 0003 | MTC-00029772
Pfund, Lydia | 0001 | MTC-00008376
Pham, Jerry | 0001 | MTC-00001391
Phan, Anh | 0001 | MTC-00028248
Phan, DuyMy L. | 0001 | MTC-00000381
Pharr, David | 0001 | MTC-00005919
Phelan, James D. | 0001 | MTC-00006975
Phelps, Burton W. | 0002 | MTC-00027795
Phelps, Jeffrey | 0001 | MTC-00029864
Philippa, Jeffery (Citizens Against Govt. Waste) | 0005 | MTC-00028667
Phillippi, Don | 0001 | MTC-00023409
Phillips, Andrew | 0001 | MTC-00015818
Phillips, Chad | 0001 | MTC-00015812
Phillips, Chester | 0002 | MTC-00033455
Phillips, Chuck | 0003 | MTC-00014829
Phillips, Courtney | 0002 | MTC-00032594
Phillips, Courtney G | 0001 | MTC-00031114
Phillips, David | 0002 | MTC-00030249
Phillips, David | 0002 | MTC-00024146
Phillips, Debra | 0001 | MTC-00021955
Phillips, Don | 0001 | MTC-00026002
Phillips, Don | 0001 | MTC-00030477
Phillips, Glen A. | 0001 | MTC-00029595
Phillips, James | 0001 | MTC-00015833
Phillips, Jerry N. | 0001 | MTC-00011530
Phillips, John | 0001 | MTC-00008666
Phillips, Max | 0002 | MTC-00019473
Phillips, Melvin and Lillian | 0001 | MTC-00007971
Phillips, Michael | 0002 | MTC-00025598
Phillips, Richard | 0001 | MTC-00030036
Phillips, Robert C. | 0001 | MTC-00010066
Phillips, Seymour | 0001 | MTC-00000894
Phillips, Thomas | 0001 | MTC-00010102
Phillips, Trudy | 0001 | MTC-00016813
Phillips, Truman | 0002 | MTC-00019358
Phillipson, Sean | 0001 | MTC-00010802
Philpot, Morgan | 0001 | MTC-00009949
Phipps, Perry L. | 0001 | MTC-00025714
Phoenix | 0001 | MTC-00004175
Piasecki, Joseph | 0001 | MTC-00016731
Piatek, Michael | 0001 | MTC-00015848
Picard, Robert | 0001 | MTC-00031497
Pickens, Dave | 0004 | MTC-00004832
Pickerel, D. Emmett | 0001 | MTC-00018023
Pickering, Miles | 0001 | MTC-00016176
Pickett, Michael and Sally | 0001 | MTC-00024882
Picketts, Scott | 0003 | MTC-00016514
Pickrel, Joanne | 0001 | MTC-00011101
Pickup, Eric | 0001 | MTC-00004984
Picon, W. | 0002 | MTC-00012900
Picton, Aaron T. | 0001 | MTC-00002775
Piehl, Curby A. | 0001 | MTC-00016280
Pieper, Pieter Jan | 0001 | MTC-00014212
Pierce, Al | 0001 | MTC-00013570
Pierce, Benjamin | 0001 | MTC-00009244
Pierce, Dana | 0001 | MTC-00020825
Pierce, Greg | 0001 | MTC-00000706
Pierce, Jeff | 0002 | MTC-00011577
Pierce, Lawrence W. | 0001 | MTC-00010414
Pierce, Ted | 0001 | MTC-00006365
Pieri, Rich | 0001 | MTC-00015889
Piester, Patricia | 0001 | MTC-00029673
Pietrowicz, Stephen R. | 0003 | MTC-00027404
Pietrowski, E. L. | 0001 | MTC-00008862
Pifke, Dave | 0001 | MTC-00018715
Piher, L. Drew | 0001 | MTC-00027606
Pihl, Torsten | 0001 | MTC-00018173
Pijar, Greg | 0001 | MTC-00031661
Pike, August | 0002 | MTC-00031999
Pike, Jack | 0001 | MTC-00006812
Piland, Gary | 0001 | MTC-00013158
Pilger, John J. | 0002 | MTC-00026974
Pilgrim, Philip | 0001 | MTC-00017337
Piller, Chip | 0002 | MTC-00027629
Pilley, Chris | 0001 | MTC-00030076
Pillow, John E. | 0001 | MTC-00033374
Pina, Ravi | 0001 | MTC-00015711
Pindel, David | 0002 | MTC-00027867
Pindel, David | 0002 | MTC-00029895
Pineo, Linda | 0002 | MTC-00012854
Pinion, Mary | 0001 | MTC-00022467
Pinion, Mitzh | 0001 | MTC-00031998
Pink, David | 0001 | MTC-00020894
Pinson, Shelah | 0001 | MTC-00006226
Pintler, Mary D. | 0001 | MTC-00011552
Pioli, Robert | 0002 | MTC-00033654
Piolino, Thierry | 0001 | MTC-00004435
Pipal, Randy | 0001 | MTC-00028996
Piper, Greg J. | 0001 | MTC-00013547
Piperberg, Jamie | 0001 | MTC-00022703
Pipkin, Chris H. | 0001 | MTC-00030467
Pippin, Jason | 0001 | MTC-00000905
Pippins, Janae | 0001 | MTC-00000681
Pirkle, Kent | 0002 | MTC-00018623
Piroumian, Vartan | 0003 | MTC-00019017
Pirri, John Dr. and Mrs. | 0001 | MTC-00031049
Pirzadeh, Amin | 0001 | MTC-00013141
Pistoresi, Nello and Son, Inc. | 0001 | MTC-00029938
Pitman, Jeff | 0001 | MTC-00014980
Pitre, David | 0001 | MTC-00018458
Pittell, Harold | 0001 | MTC-00028848
Pittman, Roger | 0001 | MTC-00020851
Pittmann, Burt | 0001 | MTC-00025022
Pitts, Brent | 0001 | MTC-00016079
Pitts, Tom | 0001 | MTC-00016640
Pittsley, Dorothy | 0002 | MTC-00033645
Pixel Fairy | 0002 | MTC-00027789
Pixley, Robert | 0002 | MTC-00026510
Pizzato, Gene | 0001 | MTC-00030767
Pizzato, Gene | 0001 | MTC-00031346
Pizzeri, Frank & Chris | 0001 | MTC-00011795
Pizzirani, Arthur | 0001 | MTC-00009599
Pizzitola, Michele Adams | 0002 | MTC-00028430
Place, June | 0001 | MTC-00030956
Placette, Elsie | 0001 | MTC-00009384
Placilla, Anthony and Maureen | 0001 | MTC-00019299
Plander, Harry | 0001 | MTC-00031086
Plant, Everett | 0001 | MTC-00024469
Planter26@ aol.com | 0001 | MTC-00005509
Plas, David R. | 0001 | MTC-00001250
Plas, David R. | 0001 | MTC-00013420
Plastina, Dan | 0001 | MTC-00002737
Plastina, Dan | 0001 | MTC-00005494
Platt, George | 0001 | MTC-00029989
playcon@ aol.com | 0001 | MTC-00026446
Plefka, Bob | 0001 | MTC-00006327
Pleham, Randy | 0001 | MTC-00011542
Plemel, J. Randolph | 0002 | MTC-00015115
Plent, Rex | 0001 | MTC-00007858
Plente, James | 0002 | MTC-00025786
Pleschutznig, Andeas | 0001 | MTC-00032247
Pleschutznig, Andreas | 0001 | MTC-00000143
Pleshko, Bruce and Leslie | 0001 | MTC-00007796
Pletter, Claudia | 0001 | MTC-00024700
Plevin, Richard | 0001 | MTC-00023448
Plimley, Mark | 0002 | MTC-00027558
Pliske, Chuck | 0001 | MTC-00026639
Pliszka, Jacek | 0001 | MTC-00003320
Plitt, Allen L. | 0001 | MTC-00008879
Pluck, Thomas | 0001 | MTC-00016484
Plummer, Christopher | 0001 | MTC-00033428
Plummer, David M. | 0001 | MTC-00018797
Plummer, James | 0001 | MTC-00011801
Plump, Michael | 0001 | MTC-00015048
pmills@ mc3inc.com | 0001 | MTC-00010392
Poage, Sharla S. | 0001 | MTC-00030496
Poblador, Jonas | 0001 | MTC-00007949
Pobryain, Allen | 0001 | MTC-00014732
Pockele, James | 0001 | MTC-00017393
Podd, Kenneth | 0001 | MTC-00009495
Podnar, Paul | 0002 | MTC-00033547
Podnar, Paul | 0002 | MTC-00027464
Poe, Lettie Ann | 0001 | MTC-00028315
Poet, Kevin | 0003 | MTC-00028296
Poff, M. June | 0002 | MTC-00033520
Poggio, Andy | 0001 | MTC-00016846
Pohjanraito, Jani | 0001 | MTC-00011059
Pohl, Alvin J. | 0001 | MTC-00010647
Pohl, Gerald B. | 0001 | MTC-00024240
Pohlabel, Christian | 0002 | MTC-00014992
Pointer, Aubrey | 0001 | MTC-00013613
Pokey | 0001 | MTC-00008921
Poldrack, Russell | 0001 | MTC-00016718
Polen, Karen | 0001 | MTC-00031131
Polenychko, Dave | 0001 | MTC-00017002
Polin, Joel | 0001 | MTC-00006594
Polini, Eleanor | 0002 | MTC-00027746
Pollack, Dan | 0002 | MTC-00003107
Pollack, Jordan | 0002 | MTC-00010278
Pollard, Phillip | 0001 | MTC-00018631
Polley, Michael | 0002 | MTC-00003168
Pollitt, Eric | 0001 | MTC-00022807
Pollman, J. C. | 0001 | MTC-00015698
Pollock, Cody | 0001 | MTC-00018760
Pollock, Roy | 0001 | MTC-00018131
Polly, George | 0001 | MTC-00000573
Polson, Rufus | 0002 | MTC-00033829
Polson, Rufus | 0002 | MTC-00033679
Poltorak, Elie | 0001 | MTC-00027551
Pomeranz, Rose Ryba | 0001 | MTC-00028329
Pomerleau, Paul | 0001 | MTC-00003351
Pompei, Warren | 0001 | MTC-00025396
Ponder, PJ | 0001 | MTC-00017749
Ponko, Jerry | 0002 | MTC-00019695
Ponte, Leonard | 0001 | MTC-00030307
Pontius, Dale | 0002 | MTC-00027180
Pontius, Tom and Sue | 0001 | MTC-00012059
Pontius, Tom and Sue | 0001 | MTC-00006699
Ponto, Judy | 0001 | MTC-00000647
Ponto, Judy | 0001 | MTC-00029758
Ponto, Mr. and Mrs. Roger | 0001 | MTC-00008738
Pooelker, Paul F. | 0001 | MTC-00008169
Poole, Brian | 0001 | MTC-00023701
Poole, Michael | 0001 | MTC-00015055
Poole, Robin | 0001 | MTC-00009082
Poole, Steve | 0001 | MTC-00001456
Popa, Val | 0001 | MTC-00017704
Popkin, Laird | 0004 | MTC-00015886
Popovich, George | 0001 | MTC-00005460
Poriss, Jason | 0002 | MTC-00015190
Pormann, John B. | 0002 | MTC-00017617
Porporato, Bob | 0001 | MTC-00000320
Porta, Francesco | 0001 | MTC-00001387
Porter, Gary | 0001 | MTC-00010113
Porter, Joseph | 0001 | MTC-00015784
Porter, Lloyd | 0001 | MTC-00006510
Porter, Michael | 0002 | MTC-00018209
Porth, Sean | 0001 | MTC-00017520
Portin, Arvid | 0001 | MTC-00030532
Portin, Craig | 0001 | MTC-00017691
Portuesi,Michael | 0001 | MTC-00019851
Porzuc, George | 0001 | MTC-00008945
Porzuc, George | 0001 | MTC-00006627
Poschel, Tim | 0002 | MTC-00021762
Posey, David | 0001 | MTC-00023152
Post, Gregory | 0001 | MTC-00005130
Post, Jeff | 0001 | MTC-00018039
Post, John | 0002 | MTC-00016381
Poster, Gary | 0001 | MTC-00023465
potenisaac@ attbi.com | 0001 | MTC-00021965
Pothier, Steven | 0001 | MTC-00019477
Potrer, Ed and REva | 0001 | MTC-00008489
Potter, Andrew | 0001 | MTC-00016519
Potter, Jim | 0001 | MTC-00017262
Potter, Ken | 0001 | MTC-00013442
Potter, Richard | 0001 | MTC-00001474
Poucher, Greg | 0001 | MTC-00019611
Poulsen, Gil | 0001 | MTC-00025470
Poulton, Chet | 0001 | MTC-00004794
Pousman, Zach | 0001 | MTC-00018309
Povirk, Lawrence | 0003 | MTC-00024690
Povondra, Marc T. | 0001 | MTC-00028704
Powell, Adam C. | 0001 | MTC-00028312
Powell, Billy | 0001 | MTC-00006921
Powell, Billy | 0001 | MTC-00013422
Powell, Brian | 0001 | MTC-00018204
Powell, Charles R. | 0001 | MTC-00006704
Powell, Ed | 0001 | MTC-00032110
Powell, Edward | 0002 | MTC-00013580
Powell, Harry L. | 0001 | MTC-00007117
Powell, Murray | 0001 | MTC-00005561
Powell, Stuart | 0001 | MTC-00006730
Powell, Stuart | 0001 | MTC-00025896
Power, Richard | 0001 | MTC-00025219
Power, Robert | 0002 | MTC-00029485
Power, Tina | 0001 | MTC-00011027
Powers, Charlie W. | 0001 | MTC-00010176
Powers, Dave | 0001 | MTC-00027002
Powers, David | 0001 | MTC-00001581
Powers, Floyd | 0001 | MTC-00029703
Powers, Thomas | 0001 | MTC-00029472
Poynter, David | 0001 | MTC-00015825
Poythress, Vern | 0001 | MTC-00030681
Poz, Mike | 0002 | MTC-00000534
Pozzouli, A. | 0001 | MTC-00007186
Pozzuoli, A. | 0001 | MTC-00000610
pparker@ mdot.state.md.us | 0001 | MTC-00021993
Prabhudesai, Chetain | 0002 | MTC-00029359
Prado, Ivan | 0001 | MTC-00010207
Prado, Ramiro | 0001 | MTC-00027412
Prae, Gary | 0002 | MTC-00033632
Praedor | 0001 | MTC-00000584
Prager, Stan | 0001 | MTC-00005820
Praissman, Jeremy | 0002 | MTC-00027406
Prakken, Randy | 0001 | MTC-00003746
Pranther, Thomas | 0002 | MTC-00033511
Prasad, Ganesh | 0006 | MTC-00005156
Prasad, Ganesh | 0005 | MTC-00014607
Prater, Sandra | 0001 | MTC-00031704
Pratt, Bill | 0001 | MTC-00010482
Pratt, Gail | 0001 | MTC-00006679
Pratt, Robert | 0001 | MTC-00032550
Pratt, Sandra | 0001 | MTC-00008222
Pratt, Vince | 0002 | MTC-00004691
Premore, B. J. | 0001 | MTC-00015429
Prendergast, Jim | 0004 | MTC-00033587
Pressler-Marshall, Martin | 0001 | MTC-00023501
Pressley, Ancil R. | 0001 | MTC-00006530
Pressnell, Brett | 0002 | MTC-00018892
Presswalla, Hosheing | 0001 | MTC-00008626
Preston, Dick | 0001 | MTC-00001091
Preston, John | 0001 | MTC-00008849
Preston, Rob | 0001 | MTC-00014821
Preston, Timothy | 0001 | MTC-00015701
Preul, Mark | 0001 | MTC-00024740
Prevallet, James | 0002 | MTC-00006227
Prevo, Ken | 0001 | MTC-00001029
Prewett, Geoffrey | 0001 | MTC-00020148
Prezkop, John | 0001 | MTC-00014446
Priby@ aol.com | 0001 | MTC-00005889
Price, Andrew | 0001 | MTC-00023516
Price, Fern | 0001 | MTC-00006004
Price, Hallie M. | 0001 | MTC-00030172
Price, Judy | 0001 | MTC-00008036
Price, Larry A. | 0002 | MTC-00004812
Price, Lawrence | 0001 | MTC-00005565
Price, Michael | 0001 | MTC-00032069
Price, Richard | 0004 | MTC-00027126
Price, Robert | 0001 | MTC-00025720
Price, Tom | 0002 | MTC-00017699
Price, Wes | 0001 | MTC-00015112
Pricharol, Melody | 0001 | MTC-00031203
Prickett, Gary | 0001 | MTC-00011694
Prickett, Shannon | 0001 | MTC-00022707
Prideaux, Gary | 0001 | MTC-00000304
Prideaux, Gary | 0001 | MTC-00000316
Priel, Peter | 0002 | MTC-00012706
Priest, Heather | 0001 | MTC-00027106
Priest, Jim | 0001 | MTC-00015416
Priest, W. Curtiss | 0002 | MTC-00028425
Priest, W. Curtiss | 0002 | MTC-00028763
Priffer, Andy | 0001 | MTC-00017207
Prince, Kelly | 0001 | MTC-00009846
Pringle, Todd | 0002 | MTC-00019905
Prioste, Jerry and Annette | 0001 | MTC-00026183
Pritchard, Colin | 0001 | MTC-00026130
Pritchett, Michael | 0001 | MTC-00017757
Pritchett, Richard | 0002 | MTC-00010705
Pritikin, Joshua N. | 0001 | MTC-00004172
Prive, Scott | 0001 | MTC-00020848
Prive, Scott | 0001 | MTC-00000414
Privitera, Harley | 0001 | MTC-00018523
Probst, Richard | 0002 | MTC-00027509
Proctor, Mark | 0002 | MTC-00015045
Proctor, Mark | 0001 | MTC-00029904
Proffit, Spencer | 0001 | MTC-00018754
Proffitt, Anne | 0001 | MTC-00011655
Proffitt, John B. | 0001 | MTC-00021697
Prohodsky, John | 0001 | MTC-00012415
Projektor Films | 0002 | MTC-00013063
PRokop, Josh | 0001 | MTC-00023146
Prosper, David | 0001 | MTC-00017787
Prosser, Ryan R. | 0001 | MTC-00020065
Prostano, Emanuel | 0002 | MTC-00023460
Provencher, David | 0001 | MTC-00008612
Provencher, David | 0001 | MTC-00012554
Provine, Darren | 0001 | MTC-00018129
Prud'hommeaux, Marc | 0001 | MTC-00018141
Prude, Terrell | 0001 | MTC-00029243
Pruitt, Joel | 0001 | MTC-00030984
Prukha, Chad | 0001 | MTC-00025950
Prus, Jeff | 0001 | MTC-00027420
Prus, Jeff | 0001 | MTC-00033533
Pryor, Bill | 0001 | MTC-00026415
Pryor, Michael | 0002 | MTC-00016546
pshoup@ juno.com | 0001 | MTC-00028188
pss@ comcast.net | 0001 | MTC-00028625
psychohist@ aol.com | 0005 | MTC-00001949
Pucci, Steve | 0001 | MTC-00002738
Puckett, James | 0001 | MTC-00023899
Puckett, James E. | 0001 | MTC-00008559
Puetz, Greg | 0001 | MTC-00026728
Pufky, Richard R. | 0001 | MTC-00017381
Puga, Jim | 0001 | MTC-00016411
Puggie, David | 0001 | MTC-00016746
Pugh, Jon | 0001 | MTC-00013447
Pugh, Jon | 0002 | MTC-00004233
Puh, Ann | 0002 | MTC-00030088
Pullam, J. Ray | 0001 | MTC-00030326
Pullaro, Jim | 0001 | MTC-00017734
Pullen, Lucy J. | 0002 | MTC-00030121
Pulliam, Mark S. | 0001 | MTC-00031366
Pullins, Scott | 0001 | MTC-00028648
Pullins, Scott A. | 0001 | MTC-00014643
Puls, Linda | 0001 | MTC-00028432
Pulsipher, Jesse | 0001 | MTC-00019149
Puram, Prakash | 0002 | MTC-00005551
Purdie, Scott & Debbie | 0001 | MTC-00008216
Purdue, Barbara | 0001 | MTC-00007682
Purdy, Cameron | 0002 | MTC-00009733
Purdy, Jason | 0001 | MTC-00027294
Puri, Dev | 0001 | MTC-00023289
Puri, Monika | 0001 | MTC-00010998
Puri, Rohi | 0001 | MTC-00014377
Puri, Samir | 0001 | MTC-00013083
Purl, Scott | 0001 | MTC-00004688
Purnell, David | 0001 | MTC-00031549
Putman, Peter | 0001 | MTC-00018085
Putman, Stephen | 0002 | MTC-00004466
Putnam, Kyle | 0002 | MTC-00000616
Putnam, Larry | 0001 | MTC-00008826
Putnam, Michael | 0001 | MTC-00005855
Putt, Jim | 0002 | MTC-00030008
pwknopp@ pacbell.net | 0001 | MTC-00015957
Pybusm Keith | 0002 | MTC-00009721
Pyle, Kathy | 0001 | MTC-00013801
Pyrros, C. | 0003 | MTC-00000055
Pytel, Todd P. | 0001 | MTC-00023414
Qian, Guoling | 0001 | MTC-00010735
Qu, Alex H. | 0002 | MTC-00005055
Qu, Alex H. | 0001 | MTC-00030735
Quaas, Richard H. | 0001 | MTC-00002697
Quam, Amanda | 0001 | MTC-00030482
Quan, Mike | 0001 | MTC-00024329
Quandt, Judy | 0002 | MTC-00028456
Quasimoto | 0001 | MTC-00001859
Quattlebaum, Pamela | 0002 | MTC-00030883
Queen, Hugh | 0001 | MTC-00028405
Queenan, John | 0003 | MTC-00018252
Quezada, Mark | 0001 | MTC-00032107
Quick, Dave | 0001 | MTC-00026301
Quick, Linda | 0001 | MTC-00007088
Quick, Lois | 0001 | MTC-00003851
Quick, Mark B. | 0001 | MTC-00013771
Quiggle, Jeffrey J. | 0001 | MTC-00012859
Quigley, John E. | 0001 | MTC-00021565
Quigley, Terry | 0001 | MTC-00027599
Quill, Erin | 0001 | MTC-00017453
Quimby, Wayne | 0001 | MTC-00001951
Quin, John | 0002 | MTC-00024419
Quinn, Bob | 0001 | MTC-00011761
Quinn, Jim | 0001 | MTC-00016973
Quinn, Micah | 0002 | MTC-00004708
Quinn, Stephen | 0001 | MTC-00011544
Quinn, Stephen | 0001 | MTC-00021857
Quinn, Stephen | 0001 | MTC-00005891
Quinones, Adrian | 0001 | MTC-00000333
Quinton, Wayne | 0001 | MTC-00029387
Quirk, Jane | 0001 | MTC-00027883
Quitter, Roy | 0001 | MTC-00019242
Qureshi, Khalid | 0002 | MTC-00016109
Raab, G. Richard | 0001 | MTC-00018092
Raasch, Dan | 0001 | MTC-00015575
Rabinavitch, Ilan | 0001 | MTC-00004043
Rabinovitch, Ilan | 0001 | MTC-00014911
Rabinovitz, Daniel | 0001 | MTC-00016067
Rackers, Richard | 0001 | MTC-00031632
Rad, Darius | 0001 | MTC-00016232
Radbil, Alexandra | 0001 | MTC-00025599
Radcliff, Chris | 0001 | MTC-00017996
Rademacher, N.M. | 0001 | MTC-00007037
Radford, Gail | 0001 | MTC-00022473
Radke, Richard | 0002 | MTC-00007120
Radke, Richard | 0001 | MTC-00012829
Radlow, Jeremy | 0001 | MTC-00017852
Radtke, Carl | 0001 | MTC-00025940
Radway, Matt | 0002 | MTC-00018687
Raedeker, Franziska | 0001 | MTC-00028681
Rael-Brook, Graham | 0001 | MTC-00006486
Raffaelli, Paulo | 0001 | MTC-00018705
Rage | 0001 | MTC-00002687
Ragsdale,Ian | 0001 | MTC-00016916
Ragsdell, Blake | 0002 | MTC-00015356
Rahardja, Robert | 0001 | MTC-00002760
Rahim Hasan Z. | 0001 | MTC-00031145
Rahim, Hasan Z. | 0001 | MTC-00031159
Rahl, Don | 0001 | MTC-00008885
Rahl, Francis | 0001 | MTC-00005540
Rahman, Faisal | 0001 | MTC-00015151
Rahrer, David | 0002 | MTC-00028766
Raible, Eric | 0001 | MTC-00023165
Rain, Tim | 0003 | MTC-00026334
Rainville, Michel G. | 0002 | MTC-00002585
Raisoni, Jay | 0001 | MTC-00014049
Raithel, John | 0001 | MTC-00003672
Raja, Immanuel J. | 0002 | MTC-00000555
Raju, Padma | 0001 | MTC-00006827
Rakor, Jerry | 0001 | MTC-00013705
Rakunas, Adam | 0001 | MTC-00017131
Rall, Marcus E. | 0002 | MTC-00011238
Ralph | 0001 | MTC-00000660
Ralston, Ron | 0002 | MTC-00017064
Ralston, Ron | 0001 | MTC-00031831
Ralyea, Robert H. | 0002 | MTC-00010221
Ramachandran, Ajay | 0001 | MTC-00028336
Raman, Karthik | 0001 | MTC-00011102
Ramanlal, Pradipkumar | 0003 | MTC-00027794
Ramanus, Charles F. | 0001 | MTC-00005127
Ramasami, Ronald | 0001 | MTC-00027280
Ramasubramania, Vijay | 0001 | MTC-00019852
Ramasubramanian, Vasant | 0001 | MTC-00026617
Ramerth, Douglas L. | 0002 | MTC-00005812
ramesh.shah@ sspsolutions.com | 0001 | MTC-00024794
Ramirez, Juan E. | 0001 | MTC-00029158
Ramirez, Steven | 0001 | MTC-00007625
Ramirez, Tony | 0001 | MTC-00014461
Ramm, Alexander | 0002 | MTC-00032983
Ramos, Gabriel | 0002 | MTC-00002154
Rampersad, Taran | 0003 | MTC-00004725
Ramsay, Bruce | 0002 | MTC-00033353
Ramsay, Colin N. | 0001 | MTC-00025872
Ramsdell, Robert C. III | 0002 | MTC-00016374
Ramsell, Todd | 0001 | MTC-00013120
Ramsey, Ellen M. | 0002 | MTC-00028504
Ramsey, Paul | 0001 | MTC-00016897
Ramsey, Tim | 0002 | MTC-00001241
Ramstrom, Mike | 0001 | MTC-00003716
Ramzinski, Darin | 0001 | MTC-00019026
Rana, G.S. | 0001 | MTC-00007777
Rand, Wes | 0002 | MTC-00002201
randall, Alison | 0001 | MTC-00026111
Randle, Neil | 0002 | MTC-00031431
Randolph, karl W. | 0002 | MTC-00023726
Randolph, Steven | 0001 | MTC-00004771
Rands, Marilyn and Gary | 0001 | MTC-00007414
Randus | 0001 | MTC-00005100
Randvic@ aol.com | 0001 | MTC-00007852
Randy@ ReportWave.com | 0001 | MTC-00024831
Ranies, Luke A. | 0004 | MTC-00014357
Rankin, Jim | 0001 | MTC-00016247
Rankin, Michael | 0001 | MTC-00022287
Rankine, Jeff | 0001 | MTC-00017815
Rannells, Ross | 0002 | MTC-00017889
Ransey, Earl R. | 0002 | MTC-00028492
Ransom, William | 0002 | MTC-00033513
Rao, Arun | 0001 | MTC-00027572
Rao, Milind | 0001 | MTC-00017826
Rao, Vinod | 0001 | MTC-00031339
raokert@ juno.com | 0001 | MTC-00017291
Rapbun, Cardine | 0001 | MTC-00030320
Raphael, Damon S | 0001 | MTC-00016922
Raphael, Ed | 0001 | MTC-00029770
Rapka, Edward | 0004 | MTC-00002234
Rapp, jim | 0001 | MTC-00011344
Rapp, Sylvia | 0001 | MTC-00004793
Rappard, Jerry | 0001 | MTC-00004197
Rappoport, Avi | 0002 | MTC-00025680
Rapport, Steve | 0001 | MTC-00017880
Rasch, Cathie | 0001 | MTC-00030144
Raschen, David | 0001 | MTC-00015085
Rasen, Christopher | 0002 | MTC-00030369
Rasmussen, Bob | 0002 | MTC-00004275
Rasmussen, Brett | 0002 | MTC-00027099
Rasmussen, Craig E. | 0001 | MTC-00022105
Rasmussen, David | 0002 | MTC-00012856
Rasmussen, Dick | 0001 | MTC-00030370
Rasmussen, Roger | 0002 | MTC-00019294
Rassbach, Marc | 0002 | MTC-00016745
Rassel, Steve | 0002 | MTC-00004679
Rastogi, Suresh C. | 0001 | MTC-00008459
Rati, Rob | 0001 | MTC-00016878
Rattner, Bob | 0001 | MTC-00000363
RAtts, Lura | 0001 | MTC-00025203
Rau, Douglas | 0001 | MTC-00018841
Rau, Franz | 0001 | MTC-00024523
Rau, Stafford | 0001 | MTC-00016707
Rauhauser, Neal | 0002 | MTC-00003628
Raupe, Marilyn | 0001 | MTC-00013429
Rausch, Bill | 0002 | MTC-00004930
Rauscher, Carol | 0001 | MTC-00031150
Ravenn, Shane | 0001 | MTC-00004398
Ravensberg, Maurice and Doraleen | 0001 | MTC-00010787
Ravichandran, M. G. | 0001 | MTC-00005523
Rawady, Doug | 0001 | MTC-00020934
Rawlins, Clark | 0001 | MTC-00015080
Rawson, Brian | 0001 | MTC-00006038
Rawson, E. Blaine | 0002 | MTC-00030063
Rawsthorne, James | 0001 | MTC-00014380
Ray, Alex | 0001 | MTC-00011926
Ray, Bob | 0001 | MTC-00028560
Ray, Brian | 0001 | MTC-00017969
Ray, Debes | 0001 | MTC-00006404
Ray, Edward W. | 0001 | MTC-00004095
Ray, Jack | 0001 | MTC-00006585
Ray, Jonathan | 0001 | MTC-00019525
Ray, Mary | 0001 | MTC-00031412
Ray, Matthew | 0001 | MTC-00016465
Ray, Vance | 0001 | MTC-00008029
Rayhons, Kevin | 0001 | MTC-00015934
Rayhorns, Kevin | 0002 | MTC-00016294
Raynor, Andy | 0001 | MTC-00011227
Raypholtz, Jeannette | 0001 | MTC-00011448
Raza, Shah | 0002 | MTC-00010755
rbelliveau@ reliability.com | 0001 | MTC-00021976
RBSB@ att.net | 0001 | MTC-00028197
rburo@ temple.iso.tenet.edu | 0001 | MTC-00022011
rcrodgers@ att.net | 0001 | MTC-00001032
rcw | 0001 | MTC-00007482
RDL300619@ aol.com | 0001 | MTC-00008515
rdollar@ avaya.com | 0001 | MTC-00012732
Read, Danny | 0001 | MTC-00017210
Read, Don | 0001 | MTC-00031055
Read, Noah | 0001 | MTC-00014094
Read, Terry L. | 0001 | MTC-00011757
Reade, Chris | 0001 | MTC-00009525
Reader, Terry | 0001 | MTC-00006598
Reades, Jon | 0002 | MTC-00015624
Reagan, Dawn | 0002 | MTC-00033355
Reagan, Dawn | 0002 | MTC-00023840
Reames, Calvin | 0001 | MTC-00004545
Reardon, Joe | 0001 | MTC-00006868
Reardon, Joseph | 0001 | MTC-00013772
Reasoning, SI | 0001 | MTC-00018015
Reasonover, Todd | 0001 | MTC-00029553
REavie, Bret | 0001 | MTC-00027128
Rebandt Sr., Ralph | 0001 | MTC-00008873
Rebard, Barbara | 0001 | MTC-00005781
Rebullida, Simon | 0001 | MTC-00013149
recarter@ interserv.com | 0001 | MTC-00017290
Rech, Paul | 0001 | MTC-00003462
Rechs, Matthew | 0001 | MTC-00016044
Rechs, Matthew J. | 0002 | MTC-00030386
Recine, Greg | 0001 | MTC-00016859
Recktenwald, Gerald | 0001 | MTC-00003229
Reda, Al | 0001 | MTC-00031545
Reddick, Mary Jo | 0001 | MTC-00009441
Redding, Brian | 0001 | MTC-00023393
Reddy, Richard | 0002 | MTC-00004194
Redelmeier, D. Hugh | 0002 | MTC-00027546
Redfearn, Brad | 0001 | MTC-00014305
Redman, Chad | 0004 | MTC-00025122
Redolfi, Donald | 0002 | MTC-00015049
Redstone, Joshua | 0001 | MTC-00003651
Reece, Jack | 0001 | MTC-00006508
Reece, Richard | 0001 | MTC-00006903
Reece, Roger | 0002 | MTC-00008734
Reed, Brian | 0002 | MTC-00027455
Reed, Cheryll | 0001 | MTC-00008525
Reed, David M. | 0004 | MTC-00026534
Reed, Dick | 0001 | MTC-00005924
Reed, J. Paul | 0001 | MTC-00014863
Reed, Mark | 0001 | MTC-00011691
Reed, Matthew | 0001 | MTC-00025752
Reed, Pa | 0001 | MTC-00013792
Reed, Stephean | 0001 | MTC-00017170
Reed, Steven O. | 0001 | MTC-00001874
Reeder, Joshua | 0001 | MTC-00003505
Reents, Henry | 0001 | MTC-00030137
Rees, Lynn C. | 0005 | MTC-00023944
Rees, Matthew | 0002 | MTC-00026248
Reese, Dan | 0001 | MTC-00002368
Reese, Gary A. | 0002 | MTC-00031712
Reese, John | 0001 | MTC-00005149
Reese, Mark and Barbara | 0001 | MTC-00006644
Reeser, Jacquelyn R. | 0001 | MTC-00029596
Reestrom, Ross J. | 0002 | MTC-00017184
Reeves, Jerry and Crooine | 0001 | MTC-00008620
Reeves, Marshall | 0001 | MTC-00016291
Reeves, Maurice | 0001 | MTC-00015286
Refarth, Howard F. | 0001 | MTC-00032934
REG | 0001 | MTC-00001366
Regal, Robert | 0001 | MTC-00021122
Regan, Jeff | 0001 | MTC-00031910
Reggie, Raphael S. | 0001 | MTC-00022354
Regina, Joseph | 0001 | MTC-00024433
Rehbein, Jeff | 0003 | MTC-00033546
Rehbein, Jeff | 0003 | MTC-00027463
Rehder, Julie L. | 0001 | MTC-00031956
Rehder, Matt | 0001 | MTC-00018040
Rehi, Hartmut | 0001 | MTC-00009222
Rehnke, Eric | 0002 | MTC-00004104
Rehor, Charlie | 0001 | MTC-00012806
Reichard, Paul | 0001 | MTC-00026715
Reichman, Jeremy | 0002 | MTC-00001815
Reid, David | 0001 | MTC-00000003
Reid, Gary | 0001 | MTC-00029852
Reid, Gary & Susan | 0001 | MTC-00030173
Reid, Loyce | 0001 | MTC-00005950
Reid, Ray | 0001 | MTC-00011003
Reif, Tobias | 0001 | MTC-00014908
Reilley, John P. | 0001 | MTC-00005808
Reilly, Andrew | 0001 | MTC-00015590
Reilly, Colleen | 0002 | MTC-00028839
Reilly, Duane | 0001 | MTC-00003548
Reilly, James S. | 0001 | MTC-00005755
Reilly, Michael | 0001 | MTC-00030317
Reilly, Paul | 0001 | MTC-00018124
Reilly, Sean | 0002 | MTC-00021147
Reilly, Wendy | 0001 | MTC-00006580
Reiman, Charlie | 0001 | MTC-00022349
Reimisch | 0001 | MTC-00001785
Reinert, Rob | 0001 | MTC-00029928
Reinhardt, Sonja | 0001 | MTC-00013628
Reinhardt, Steven | 0002 | MTC-00015548
Reinke, Matthew | 0001 | MTC-00018121
Reisenleiter, MHrry | 0002 | MTC-00013943
Reisinger, Craig | 0001 | MTC-00026047
Reisman, Marica and Joseph | 0001 | MTC-00008811
Reiss, Joanne | 0001 | MTC-00007381
Reitmeier, Vera | 0001 | MTC-00007921
Reitz, Andrew | 0001 | MTC-00027560
Reitz, Jay | 0001 | MTC-00000893
Reitzin, Elyse | 0001 | MTC-00006362
Rejemer, Daniel and Weyworth, Rebecca | 0001 | MTC-00030012
Remmers, Edward | 0001 | MTC-00027646
Remsen, Donald S. | 0002 | MTC-00018451
Ren, Albert | 0001 | MTC-00019465
Rendu, Yannick | 0001 | MTC-00001312
reneehudon | 0001 | MTC-00026742
Renfrow, Jim | 0001 | MTC-00007694
Renfrow, Jim | 0001 | MTC-00007928
Renner, Ben | 0002 | MTC-00019430
Renner, David J. | 0002 | MTC-00028424
Renner, Will | 0001 | MTC-00022561
Rennie, David | 0001 | MTC-00023053
Reno, Robert | 0002 | MTC-00003499
Renz, Barbara | 0001 | MTC-00001394
Reo, Liz | 0001 | MTC-00008731
Repke, Bill | 0001 | MTC-00018096
Reppun, Alika | 0001 | MTC-00031921
Repucci, Stephen | 0002 | MTC-00017061
Rerick, Michael | 0001 | MTC-00014250
Resch, Larry | 0001 | MTC-00019255
Resl, Phillipp | 0001 | MTC-00010565
Ressel, Josef | 0001 | MTC-00024783
Restly, Donald J. | 0002 | MTC-00011674
Reuss, Karl | 0001 | MTC-00023514
Reuter, Jon V. | 0003 | MTC-00023904
Reveto, Chris | 0001 | MTC-00004358
Rey, Curtis | 0001 | MTC-00008899
Reyes, Rafael | 0001 | MTC-00009766
Reynolds, B. Charles | 0002 | MTC-00017638
Reynolds, Bart | 0001 | MTC-00018704
Reynolds, Clyde | 0001 | MTC-00024656
Reynolds, Edie P. | 0001 | MTC-00033729
Reynolds, James | 0001 | MTC-00001453
Reynolds, Joyce A. | 0002 | MTC-00010664
Reynolds, Kentun | 0001 | MTC-00011364
Reynolds, Kentyn | 0001 | MTC-00011393
Reynolds, Paul | 0005 | MTC-00019042
Reynolds, Tim | 0001 | MTC-00030952
Reyst, John | 0001 | MTC-00000553
rflinn—74@ email.msn.com | 0001 | MTC-00014340
RFWeg@ aol.com | 0001 | MTC-00007907
Rhea, Alice | 0001 | MTC-00006039
Rhea, B. Eaton | 0001 | MTC-00008446
Rhees, jan | 0001 | MTC-00007773
Rheinhardt, Richard | 0001 | MTC-00025397
Rhine, Jim | 0001 | MTC-00000808
Rhinehart, Carolyn | 0001 | MTC-00025939
rhjenkin@ ix.netcom.com | 0001 | MTC-00011425
Rhoades, Dewitt | 0002 | MTC-00030633
Rhoades, Kitty | 0002 | MTC-00030741
Rhoades, Terry | 0002 | MTC-00014225
Rhoads, David | 0002 | MTC-00029141
Rhoads, James | 0001 | MTC-00006244
Rhoads, Larry E. | 0001 | MTC-00000110
Rhodes, James | 0001 | MTC-00007655
Rhodes, James | 0001 | MTC-00007656
Rhodes, James Nicholas | 0002 | MTC-00001247
Rhodes, Jeffrey | 0001 | MTC-00030243
Rhodes, Vaughn | 0002 | MTC-00028022
Rhymen, Keath | 0001 | MTC-00020556
Rhys Ulerich | 0001 | MTC-00019743
Rial, Tom | 0002 | MTC-00014306
Ribelin, Nate and Sandra | 0001 | MTC-00008158
ribozo@ hotmail.com | 0001 | MTC-00016036
Ric | 0002 | MTC-00001993
Ricci, Nathan | 0001 | MTC-00019314
Rice, Adam | 0002 | MTC-00002059
Rice, Barbara | 0001 | MTC-00006094
Rice, Colby | 0001 | MTC-00017335
Rice, Frank | 0001 | MTC-00005088
Rice, Gregg | 0001 | MTC-00024035
Rice, Kevin | 0002 | MTC-00033558
Rice, Kevin D | 0002 | MTC-00027492
Rice, Mark S. | 0001 | MTC-00019407
Rice, Patricia | 0001 | MTC-00007045
Rich, Allen | 0001 | MTC-00007059
Rich, Derek | 0001 | MTC-00013455
Rich, Lydia | 0001 | MTC-00028914
Rich, Lydia | 0001 | MTC-00028897
Richard | 0001 | MTC-00015346
Richard, Gerald | 0001 | MTC-00013777
Richard, Helen L. | 0001 | MTC-00030807
Richards, Chip | 0002 | MTC-00018757
Richards, Dag H. | 0001 | MTC-00002541
Richards, Janet | 0001 | MTC-00010963
Richards, Nolan | 0001 | MTC-00031390
Richards, Paul J. | 0001 | MTC-00008487
Richardson, Andy | 0002 | MTC-00016498
Richardson, Bill | 0001 | MTC-00003892
Richardson, Brad | 0001 | MTC-00000040
Richardson, Cheryl | 0002 | MTC-00014274
Richardson, Chris | 0001 | MTC-00013191
Richardson, Damon C. | 0001 | MTC-00017397
Richardson, Guy W. | 0001 | MTC-00031327
Richardson, Ken | 0001 | MTC-00030222
Richardson, Lovella | 0001 | MTC-00029151
Richardson, Mark L. | 0002 | MTC-00031432
Richardson, Patty | 0001 | MTC-00030223
Richardson, Paul | 0001 | MTC-00001832
Richardson, Ron | 0001 | MTC-00013681
Richardson, Thomas D. | 0001 | MTC-00022153
Richart, Bill | 0002 | MTC-00011358
Richart, Bill | 0001 | MTC-00013117
Richeson, John | 0001 | MTC-00006329
Richeson, John | 0001 | MTC-00023784
Richeson, Rod | 0001 | MTC-00016114
Richey, Michael | 0001 | MTC-00015713
Richins, Jack | 0001 | MTC-00011572
Richman, David | 0001 | MTC-00007142
Richman, Michael | 0002 | MTC-00026488
RICHSTP@ aol.com | 0001 | MTC-00013608
Richter, Brian | 0002 | MTC-00003763
Richter, William | 0002 | MTC-00014644
Rick, Ken | 0002 | MTC-00014481
Rickard, Maurice | 0002 | MTC-00018047
Rickel, Ted | 0002 | MTC-06018
Ricker, Rose P. | 0001 | MTC-00024439
Rickert, Kristian | 0001 | MTC-00000033
Rickey, Jim | 0001 | MTC-00022749
Rickins, Jack | 0001 | MTC-00019257
Riddell, Jonathan | 0001 | MTC-00020474
Riddell, Lawrence | 0002 | MTC-00014651
Riddell, Lawrence | 0001 | MTC-00031733
Riddle, Doug | 0001 | MTC-00028572
Riddle, Gerald | 0001 | MTC-00031005
Riddle, Harry | 0002 | MTC-00029391
Ridelmeier, Robert | 0001 | MTC-00003735
Rider, raymond | 0002 | MTC-00027754
Ridge, John | 0001 | MTC-00033815
Ridley, Ash | 0001 | MTC-00024314
Riechers, Bernard | 0001 | MTC-00031032
Riechers, Garron | 0001 | MTC-00007927
Riedel, Larry | 0001 | MTC-00012880
Riemersma, Robert | 0003 | MTC-00020184
Riera, Laura | 0003 | MTC-00005394
Ries, Eric | 0002 | MTC-00004475
Riese, Beverly | 0002 | MTC-00033519
Rieth, Cary | 0001 | MTC-00026495
Riewitz, Martin | 0002 | MTC-00020509
Rife, Jamie | 0001 | MTC-00008798
Riffle, Rich | 0001 | MTC-00009014
Rigby, Bill | 0002 | MTC-00006211
Rigby, Harrison | 0001 | MTC-00019320
Rigel, Linda | 0001 | MTC-00013113
Riggio, Edward B. | 0001 | MTC-00009066
Riggs, Adam | 0001 | MTC-00017768
Riggs, David | 0001 | MTC-00029861
Riggs, Robert | 0001 | MTC-00017144
Rigsby, Jack | 0001 | MTC-00004987
Riha, Frank | 0001 | MTC-00015942
Riley, Chris | 0001 | MTC-00015793
Riley, Craig | 0001 | MTC-00010149
Riley, Mike | 0001 | MTC-00004841
Riley, Tom | 0001 | MTC-00007027
Riley, Travis | 0001 | MTC-00018780
Riley, William L. | 0001 | MTC-00015500
Rim, John Anthony | 0001 | MTC-00007786
Rimmer, Jimmy | 0001 | MTC-00017837
Rinaldi, Paul | 0002 | MTC-00022424
Rinehart, Chris | 0001 | MTC-00000466
Ring, Matthew S. | 0001 | MTC-00016166
Ringgenberg, Roy | 0001 | MTC-00028931
Ringling, Wayne | 0001 | MTC-00021088
Rio | 0001 | MTC-00013529
Riolo, Joseph Dietro | 0002 | MTC-00018898
Riordan, James | 0002 | MTC-00016601
Rioux, Ron | 0001 | MTC-00014158
Ripeanu, Matei | 0001 | MTC-00019080
Ripley, Peter | 0001 | MTC-00015683
Ripley, Robert | 0002 | MTC-00027270
Rippey, Paul | 0002 | MTC-00001013
Rippy, Jonathan | 0001 | MTC-00017374
Rips, Kathleen | 0001 | MTC-00008347
Risch, George | 0001 | MTC-00003500
rishimo@ attglobal.net | 0001 | MTC-00006819
Risley, Marvin | 0001 | MTC-00015966
Risner, James | 0002 | MTC-00016201
Risoldi, Gene | 0002 | MTC-00026815
Risor, Curt | 0002 | MTC-00001377
Ristich, Stephen | 0001 | MTC-00004571
Ristroph, Robert G | 0004 | MTC-00004866
Ritcey, Benjamin | 0002 | MTC-00011338
Ritchie, John | 0001 | MTC-00008183
Ritchie, Marlin | 0001 | MTC-00005144
Ritenour, Russell | 0001 | MTC-00016494
Ritt, Jason | 0004 | MTC-00027589
Ritter, David | 0001 | MTC-00014915
Ritter, Martin C. | 0001 | MTC-00010127
Ritts, Gregory | 0001 | MTC-00026330
Riva, Kathryn | 0001 | MTC-00030159
Riva, S. Ben | 0002 | MTC-00008998
Rivenburgh, Reid | 0002 | MTC-00000929
Rivera, Bert | 0001 | MTC-00024719
Rivera, Mark | 0001 | MTC-00019518
Rivera, William | 0001 | MTC-00005369
Riverhuken723@ cs.com | 0001 | MTC-00005365
Rivero, Juan | 0002 | MTC-00004516
Rivers, ANdres | 0001 | MTC-00003729
Rivers, Christopher | 0001 | MTC-00031193
Rivers, Jean | 0001 | MTC-00029488
Rivers, Lorin | 0001 | MTC-00001567
Rivers, Lorin | 0001 | MTC-00003938
rivey, Jacine | 0002 | MTC-00015689
Rixford, Emmet | 0001 | MTC-00009335
Rizo, Carmine | 0001 | MTC-00007440
Rizzo, Raymond | 0001 | MTC-00000940
Rizzo, Tom | 0001 | MTC-00011394
RJ | 0001 | MTC-00023957
rjbayer | 0001 | MTC-00021356
RKing66208@ aol.com | 0001 | MTC-00018556
RLoveless@ fwenc.com | 0001 | MTC-00008841
rmcgill3@ neo.rr.com | 0001 | MTC-00014574
RMINTZES@ aol.com | 0001 | MTC-00007490
rmjackso@ gfherald.infi.net | 0001 | MTC-00017278
Rnal, Robert | 0001 | MTC-00031730
RNeff231@ aol.com | 0001 | MTC-00012568
Roach, Nathan | 0002 | MTC-00017134
Roache, Bill | 0001 | MTC-00025403
Roark, Rod | 0001 | MTC-00002439
Rob | 0001 | MTC-00001776
rob-smith@ dell.com | 0001 | MTC-00011318
Robb, Jake | 0001 | MTC-00027246
Robbins, Effie | 0001 | MTC-00006833
Robbins, Nicholas | 0001 | MTC-00017854
Robbins, Philip | 0001 | MTC-00008724
Robbins, Sharyn | 0002 | MTC-00033657
Roberson, Mickey | 0002 | MTC-00027258
Robert, Constance | 0001 | MTC-00030200
Robert, Dale | 0001 | MTC-00020867
robertdenyer@ hotmail.com | 0001 | MTC-00024253
Roberts, Betty J. | 0001 | MTC-00007828
Roberts, Bob | 0001 | MTC-00023196
Roberts, Constance | 0001 | MTC-00029851
Roberts, David | 0002 | MTC-00027438
Roberts, Dennis | 0001 | MTC-00016410
Roberts, George Gordon | 0001 | MTC-00014102
Roberts, Hal | 0002 | MTC-00015009
Roberts, Hal | 0001 | MTC-00025910
Roberts, James | 0001 | MTC-00007234
Roberts, James H. And Sandra S | 0001 | MTC-00032000
Roberts, Jan | 0001 | MTC-00005208
Roberts, Jerry | 0002 | MTC-00028353
Roberts, Jon | 0003 | MTC-00011953
Roberts, L, Michael | 0001 | MTC-00015138
Roberts, Lawrence | 0001 | MTC-00007701
Roberts, Mark | 0001 | MTC-00022690
Roberts, Micahel | 0001 | MTC-00015899
Roberts, Michael | 0001 | MTC-00019842
Roberts, Michael | 0001 | MTC-00022790
Roberts, Richard | 0001 | MTC-00003663
Roberts, William J. | 0001 | MTC-00009225
Roberts, William S. Jr. | 0002 | MTC-00028050
Robertson, David | 0001 | MTC-00000437
Robertson, James | 0001 | MTC-00027228
Robertson, Jim | 0002 | MTC-00002055
Robertson, John | 0001 | MTC-00003732
Robertson, Peter | 0001 | MTC-00002669
Robie, Lee | 0002 | MTC-00012572
Robiehaud, James | 0001 | MTC-00014757
Robino, Richard | 0002 | MTC-00020595
Robinon, Jared W. | 0001 | MTC-00015424
Robinson IV, John H. | 0001 | MTC-00018508
Robinson, Ben | 0001 | MTC-00007449
Robinson, Bill | 0003 | MTC-00009152
Robinson, Bob | 0001 | MTC-00005837
Robinson, Ed | 0001 | MTC-00012851
Robinson, Gary | 0001 | MTC-00023173
Robinson, George | 0001 | MTC-00017973
Robinson, Gerals | 0001 | MTC-00030205
Robinson, Herb | 0001 | MTC-00017450
Robinson, Herbie | 0001 | MTC-00020497
Robinson, Holly S. | 0001 | MTC-00017736
Robinson, Howard | 0002 | MTC-00001420
Robinson, Jan | 0002 | MTC-00024518
Robinson, Jason | 0001 | MTC-00017379
Robinson, John | 0001 | MTC-00007989
Robinson, Keith | 0001 | MTC-00018203
Robinson, Miles | 0001 | MTC-00023040
Robinson, Phillip | 0001 | MTC-00022294
Robinson, Sheldon | 0001 | MTC-00027846
Robinson, Steve | 0001 | MTC-00009026
Robinson, T. J. | 0001 | MTC-00005711
Robinson, Thomas | 0001 | MTC-00014295
Robinson, Tom | 0001 | MTC-00019088
Robinson, Tom | 0001 | MTC-00031673
Robinson, Verne | 0002 | MTC-00033478
Robinson, Vernon | 0002 | MTC-00030701
Robinson, William | 0001 | MTC-00026079
Robnett, Michael | 0003 | MTC-00026140
Robson, Gary | 0001 | MTC-00028433
Roby, Bill | 0001 | MTC-00004355
Roby, Clyde | 0002 | MTC-00030344
Roby, Ted | 0002 | MTC-00024941
Rocca, James | 0001 | MTC-00029972
Rocco, Mary | 0001 | MTC-00027833
Rocheleav, Bruce | 0001 | MTC-00011706
Rochniack, Eileen | 0001 | MTC-00020561
Rock, Joseph | 0002 | MTC-00001478
Rock, Joseph | 0001 | MTC-00016704
Rockas | 0001 | MTC-00007024
Rockefeller, C. A. | 0001 | MTC-00009030
Rockwell, Doyle | 0001 | MTC-00013086
Rockwell, Helen | 0002 | MTC-00013458
Rockwell, Scott | 0001 | MTC-00021899
Rockwell, Tom | 0002 | MTC-00015525
Rocky859@ aol.com | 0001 | MTC-00011519
Roden, Robert K. | 0001 | MTC-00005734
Roderick, Brian | 0001 | MTC-00017762
Rodgers, James | 0001 | MTC-00032683
Rodgers, Jim | 0001 | MTC-00017966
Rodgers, Jim | 0001 | MTC-00017894
Rodgers, Larry | 0001 | MTC-00014092
Rodgers, Robert | 0001 | MTC-00008454
Rodkey, Ralph | 0001 | MTC-00017392
Rodman, Brett | 0006 | MTC-00003510
Rodman, Brett | 0009 | MTC-00004245
Rodman, Rick | 0001 | MTC-00002402
Rodman, Tom | 0005 | MTC-00014119
Rodney, Daniel | 0001 | MTC-00019839
Rodosovich, Daynna | 0001 | MTC-00023115
Rodrigues, Mario | 0003 | MTC-00029547
Rodriguez, Alfredo | 0001 | MTC-00011349
Rodriguez, Jason | 0001 | MTC-00008436
Rodriguez, John | 0001 | MTC-00025536
Rodriguez, Juan | 0001 | MTC-00025504
Roebuck, Paul | 0001 | MTC-00033263
Roedder, Spencer | 0001 | MTC-00017081
Roeding, Richard | 0001 | MTC-00031701
Roehrig, Rick | 0001 | MTC-00026313
Roel, Jonas | 0001 | MTC-00002380
Roel, Jonas | 0001 | MTC-00024335
Roelof't Hoott | 0001 | MTC-00026287
Roese, Rick | 0003 | MTC-00013452
Roge, Deborah | 0001 | MTC-00027945
Rogers, Amy | 0002 | MTC-00025255
Rogers, Bernard | 0001 | MTC-00028049
Rogers, Clyde | 0001 | MTC-00013617
Rogers, David A. | 0001 | MTC-00017988
Rogers, Diana | 0001 | MTC-00005053
Rogers, Diana | 0001 | MTC-00029519
Rogers, Doanna | 0001 | MTC-00028043
Rogers, Doyle | 0001 | MTC-00027283
Rogers, Jerry L. | 0001 | MTC-00019106
Rogers, Judd | 0001 | MTC-00015355
Rogers, Lee J. | 0001 | MTC-00014209
Rogers, Linda | 0001 | MTC-00028827
Rogers, Stephen R. | 0001 | MTC-00024220
Rogers, Vincent | 0001 | MTC-00022387
Rogovin, Bruce | 0001 | MTC-00008191
Rogovin, Bruce | 0001 | MTC-00001751
Rogovin, Bruce | 0001 | MTC-00026559
rogowski@ pacifier.com | 0001 | MTC-00028193
Rohr, Dan | 0002 | MTC-00008880
Rohrer, Douglas | 0001 | MTC-00015215
Rohrs, Marvin | 0002 | MTC-00000109
ROJJI@ aol.com | 0001 | MTC-00006344
Roland, Bockhorst | 0002 | MTC-00019701
Roland, Michael H. | 0001 | MTC-00023283
Rolfe, Andrew | 0001 | MTC-00029227
rolfglerum@ msn.com | 0001 | MTC-00028156
Rolison, Frederick | 0001 | MTC-00030762
Roll, John | 0001 | MTC-00015461
Rolland, Lonnie | 0001 | MTC-00004582
Rolling, Benn | 0001 | MTC-00016967
Rollyson, Ray | 0001 | MTC-00031775
Roloff, Dan | 0001 | MTC-00008939
Roman, Alan | 0001 | MTC-00026442
Romanovicz, Dwight | 0001 | MTC-00000816
Romeril, Andy | 0001 | MTC-00004133
Romero, Louis | 0001 | MTC-00003267
Romero, Rick | 0002 | MTC-00017206
Rommel, Florian | 0001 | MTC-00020190
Rompa, Christine | 0001 | MTC-00030142
Ronayne, Michael | 0003 | MTC-00025861
Roncadori, Mike | 0001 | MTC-00022071
Rone, Allison | 0001 | MTC-00008915
Rone, Fred | 0001 | MTC-00028559
Roni, Joseph | 0001 | MTC-00009123
Rons | 0001 | MTC-00002770
Ronsen, Steven | 0001 | MTC-00004610
ronsp@ gte.net | 0001 | MTC-00010362
Rood, Robert J. | 0001 | MTC-00009292
Rood, Virginia | 0001 | MTC-00007225
Roop, John | 0001 | MTC-00029691
Roop, John | 0002 | MTC-00033586
Roost, Logan | 0001 | MTC-00018814
Root | 0001 | MTC-00018932
Root, Constance | 0002 | MTC-00033444
root@ copland.udel.edu | 0001 | MTC-00019040
root@ mets.tcimet.net | 0001 | MTC-00002628
root@ ut6.usdoj.gov | 0001 | MTC-00019283
root@ wt6.usdoj.gov | 0002 | MTC-00000673
root@ wt6.usdoj.gov | 0002 | MTC-00000252
root@ wt6.usdoj.gov | 0002 | MTC-00002095
root@ wt6.usdoj.gov | 0002 | MTC-00001577
root@ wt6.usdoj.gov | 0002 | MTC-00000292
Root@ wtb.usdoj.gov | 0001 | MTC-00000127
Rooth, Craig J. | 0001 | MTC-00000635
Roper, David | 0001 | MTC-00022586
Rosario, David | 0002 | MTC-00004943
Rose, Daniel | 0002 | MTC-00025068
Rose, Greg | 0001 | MTC-00002614
Rose, Jacob | 0002 | MTC-00016006
Rose, Price | 0001 | MTC-00010136
Rose, S. David | 0002 | MTC-00028431
Rose, Sean | 0002 | MTC-00024355
Roseberry, Bryan | 0002 | MTC-00000942
Roseborough, Clifford | 0001 | MTC-00031142
Rosen, Andy | 0002 | MTC-00024494
Rosen, Phillip | 0001 | MTC-00019296
Rosenbach, Carole | 0001 | MTC-00029088
Rosenberg, Gerald | 0001 | MTC-00009550
Rosenberg, Haskell | 0002 | MTC-00030535
Rosenberg, Joe | 0001 | MTC-00001748
Rosenberg, Matt | 0001 | MTC-00018818
Rosenberg, Scott | 0004 | MTC-00013804
Rosenblatt, Demian | 0002 | MTC-00020472
Rosenblum, Larry | 0001 | MTC-00026616
Rosenburg, Richard | 0001 | MTC-00005319
Rosengart, Ben | 0001 | MTC-00003900
Rosengren, Pamela | 0001 | MTC-00026635
Rosenkoetten, Kent | 0002 | MTC-00033548
RosenKoetter, Kent | 0002 | MTC-00027466
Rosenkraenzer, Bernhard | 0002 | MTC-00015361
Rosenstein, Nicholas | 0001 | MTC-00031244
Rosenstein, Nick | 0002 | MTC-00011540
Rosenthal, David | 0001 | MTC-00027110
Rosenthal, Harlan | 0002 | MTC-00015649
Rosenthal, Joseph | 0002 | MTC-00030795
Rosenthal, Neil | 0001 | MTC-00022271
Rosing, Matthew | 0001 | MTC-00010614
rositze@ zianet. com | 0001 | MTC-00011129
Roskam, Rock | 0001 | MTC-00004493
rosken9306@ aol.com | 0001 | MTC-00017318
Rosner, Eric | 0001 | MTC-00013561
Rosoff, Gil | 0001 | MTC-00012825
Rosquist, Joakim | 0001 | MTC-00015099
Ross, A. C. | 0002 | MTC-00029525
Ross, Aaron | 0004 | MTC-00015730
Ross, Anthony | 0001 | MTC-00019544
Ross, Ben | 0001 | MTC-00000007
Ross, Blake | 0001 | MTC-00014740
Ross, Douglas | 0002 | MTC-00026317
Ross, Hugh | 0001 | MTC-00000037
Ross, Jane | 0001 | MTC-00008366
Ross, Jason | 0001 | MTC-00025399
Ross, Jean | 0001 | MTC-00030225
Ross, Joyce | 0001 | MTC-00008106
Ross, Ken | 0002 | MTC-00021099
Ross, Larry | 0002 | MTC-00026413
Ross, Margaret | 0001 | MTC-00023534
Ross, Mark | 0001 | MTC-00015473
Ross, Matt | 0001 | MTC-00019063
Ross, matthew R. | 0001 | MTC-00024356
Ross, Milton | 0004 | MTC-00027254
Ross, patricia | 0001 | MTC-00029213
Ross, Patricia W. | 0001 | MTC-00007564
Ross, Phillip | 0002 | MTC-00001927
Ross, Richard | 0001 | MTC-00030966
Ross, Seth | 0001 | MTC-00031021
Ross, Thomas | 0001 | MTC-00019823
Ross, Tom | 0001 | MTC-00015727
Ross, Travis | 0001 | MTC-00019602
Rossa, Thomas J. | 0003 | MTC-00030391
Rossell, Donald | 0002 | MTC-00033347
Rossetti, John | 0001 | MTC-00007542
Rossi, Adrian | 0002 | MTC-00013143
Rossi, Louis | 0001 | MTC-00018037
Rossi, William | 0001 | MTC-00028398
Rost, Gary | 0002 | MTC-00004390
Rostus, stan | 0001 | MTC-00014385
Rotella, Chris | 0001 | MTC-00027017
Roth, Ben | 0002 | MTC-00033590
Roth, Dana L. | 0001 | MTC-00014018
Roth, David | 0001 | MTC-00005036
Roth, David | 0001 | MTC-00028517
Roth, Howard | 0001 | MTC-00018678
Roth, J. | 0001 | MTC-00008618
Roth, John | 0002 | MTC-00028671
Roth, Joseph | 0001 | MTC-00019355
Roth, Tom | 0002 | MTC-00030209
Rothberg, Michael | 0001 | MTC-00006766
Rothchild, O.F. Dr. | 0001 | MTC-00009630
Rothe, John | 0001 | MTC-00017605
Rothe, Rose | 0001 | MTC-00007648
Rothman, Greg | 0001 | MTC-00031650
Rothwell, Michael | 0001 | MTC-00019868
Rotruck, Allen R. | 0001 | MTC-00007250
Rotter, Randy | 0001 | MTC-00027887
Rottet, Kevin J. | 0001 | MTC-00025866
Roubik, Walter | 0001 | MTC-00014050
Roulland, Richard | 0001 | MTC-00033508
Roum, CJ | 0001 | MTC-00009761
Roundy, Antone | 0001 | MTC-00016443
Roundy, Gil | 0001 | MTC-00006238
Rourke, Mark | 0001 | MTC-00011820
Rourke, Mark | 0001 | MTC-00031690
Rourke, Mark | 0001 | MTC-00029246
Rourke, Mark | 0001 | MTC-00005832
Rourke, Pete | 0001 | MTC-00024854
Rouse, Forest | 0002 | MTC-00023293
Rouse, Frank | 0001 | MTC-00005922
Rouse, Frank | 0001 | MTC-00023698
Roush, Eric | 0001 | MTC-00025983
Roush, Gary | 0001 | MTC-00009304
Rousseau, Rick | 0001 | MTC-00025250
Routhier, Paul | 0001 | MTC-00031155
Rovell, Steve | 0002 | MTC-00014627
Rovell, Steve | 0002 | MTC-00031698
Rowden, Clifford E. | 0001 | MTC-00006330
Rowe, Douglas | 0001 | MTC-00016110
Rowe, Jack | 0001 | MTC-00008635
Rowe, Ken | 0001 | MTC-00013364
Rowe, Peter | 0002 | MTC-00004139
Rowe, William N. | 0001 | MTC-00006391
Rowland, Cole | 0001 | MTC-00006590
Rowland, Jrase | 0001 | MTC-00016196
Rowland, Mary | 0001 | MTC-00032031
Rowlett, David | 0001 | MTC-00014741
Rowlett, Patti | 0002 | MTC-00014745
Rowley, Michael | 0001 | MTC-00023096
Rowntree, Barry | 0001 | MTC-00017523
Roy, Roy | 0001 | MTC-00020840
Royalty, Dean | 0001 | MTC-00028759
Royalty, Philip | 0001 | MTC-00020995
Royce, Richard | 0001 | MTC-00014001
Roye, H. Edgar | 0001 | MTC-00025614
Royer, Steven | 0001 | MTC-00020563
Royse, Josiah | 0001 | MTC-00019030
Rozenberg, Don | 0001 | MTC-00012932
Rozenfeld, Timur | 0001 | MTC-00011416
Rozinsky, Dan | 0001 | MTC-00016414
Rozmus, Mark J. | 0001 | MTC-00031444
rpbus@ xwnet.com | 0001 | MTC-00022009
RRake91351@ aol.com | 0001 | MTC-00014325
rroland@ dol.net | 0001 | MTC-00028157
RSadler@ Tadv,com | 0001 | MTC-00024805
rsalexander@ satx.rr.com | 0001 | MTC-00015972
rsd@ electronink.com | 0001 | MTC-00010343
rstunek@ forbeschocolate.com | 0001 | MTC-00014553
RTP | 0001 | MTC-00032539
rturnam@ mediaone.net | 0001 | MTC-00014554
Rubenstein, Julie | 0001 | MTC-00004456
Rubenstein, Nicholas | 0001 | MTC-00018729
Rubenstone, Jeffrey | 0002 | MTC-00023468
Rubin, Kim | 0001 | MTC-00011006
Rubisch, Dennis | 0002 | MTC-00031490
Ruby, Gordon | 0001 | MTC-00028416
Rucker, Evelyn | 0001 | MTC-00031582
Rucker, Evelyn | 0001 | MTC-00031630
Rucker, Jim | 0001 | MTC-00016643
Rucker, Richard A. | 0001 | MTC-00001564
Ruckman, Kris | 0001 | MTC-00007954
Ruddy, Kevin | 0001 | MTC-00017358
Rude, Don J. | 0001 | MTC-00016094
Rude, Justin W. | 0001 | MTC-00018016
Rude, Robert M. and Le T. | 0001 | MTC-00033867
Rudeseal, Steve | 0001 | MTC-00004467
Rudesel, Steve and Shepherd, Justin | 0002 | MTC-00030643
Rudmann, Darrell | 0002 | MTC-00019555
Rudolph, Neil J. | 0001 | MTC-00033850
rudzinsk@ innercite.com | 0001 | MTC-00010344
Rue, Walker | 0001 | MTC-00019886
Ruebush, Mike | 0001 | MTC-00014004
Rueter, Ron and Sallie | 0001 | MTC-00014795
Ruff, Chad | 0001 | MTC-00030208
Ruff, Dave | 0001 | MTC-00022118
Ruffin, Robert | 0002 | MTC-00022355
Ruffing, Joan | 0001 | MTC-00005292
Ruhf, Ted | 0001 | MTC-00013499
Rukavina, Gregory | 0001 | MTC-00013756
Rule, Jim | 0001 | MTC-00015553
Rulenstein, Steven | 0003 | MTC-00011345
rumall@ earthlink.net | 0001 | MTC-00000331
Ruml, Kevin | 0002 | MTC-00018056
Running, Donald R. and MArgaret A | 0002 | MTC-00010624
Runowski, Rick | 0002 | MTC-00023231
Runquist, Jay | 0001 | MTC-00012920
Runyan, Martin | 0001 | MTC-00007340
Runyan, Martin | 0001 | MTC-00024919
Rupe, Patricia | 0005 | MTC-00018637
Rupe, Paul | 0004 | MTC-00003446
Rupilius, David | 0001 | MTC-00019563
Rupp, Amy | 0001 | MTC-00004022
Ruppell, Tanya | 0002 | MTC-00020123
Ruquecht, Mary | 0001 | MTC-00032055
Rush, Brad | 0001 | MTC-00006253
Rush, Brad | 0001 | MTC-00010295
Rush, David L. | 0002 | MTC-00031164
Rush, Roger | 0002 | MTC-00010280
Rushing, Mark | 0001 | MTC-00024000
Ruske, Dave | 0002 | MTC-00017481
Rusnocl, Jay | 0001 | MTC-00031971
Russ, Jo Ann | 0001 | MTC-00031452
Russ, Lynn | 0001 | MTC-00017228
russ@ quickchange.com | 0001 | MTC-00024286
Russell, Canyon | 0001 | MTC-00015433
Russell, Christian | 0001 | MTC-00021677
Russell, Chuck | 0001 | MTC-00008480
Russell, Donald | 0002 | MTC-00033630
Russell, Donald | 0002 | MTC-00033631
Russell, Douglas McCabe | 0001 | MTC-00029663
Russell, Harry | 0001 | MTC-00020802
Russell, James | 0001 | MTC-00026468
Russell, John | 0002 | MTC-00019865
Russell, John | 0002 | MTC-00029149
Russell, Lucian | 0001 | MTC-00007408
Russell, Marcus | 0001 | MTC-00010703
RUssell, Matt | 0001 | MTC-00019002
Russell, Pat | 0001 | MTC-00027021
Russell, Patricia | 0002 | MTC-00030125
Russell, Scott | 0002 | MTC-00015486
Russell, Sean | 0001 | MTC-00018461
Russo, Chris | 0001 | MTC-00003036
Russo, Patricia | 0002 | MTC-00033424
Russo, Patricia | 0002 | MTC-00033425
Russo, Peter Jr. | 0002 | MTC-00033423
Russo, Peter Sr. | 0002 | MTC-00033422
Russo, Steve | 0001 | MTC-00004701
Russo, Steve | 0001 | MTC-00017615
Rust, Jon | 0001 | MTC-00018107
Rust, Ted | 0002 | MTC-00001301
Rust, Ted | 0001 | MTC-00013497
Rust, Thomas Davis | 0002 | MTC-00031462
Rustin, Dameon | 0001 | MTC-00029707
Rutherford, Ronald | 0001 | MTC-00013379
Ruthven, Thomas | 0001 | MTC-00031709
Rutledge, Warren L. | 0002 | MTC-00000720
Rutter, John | 0001 | MTC-00007132
Rutter, Lindsay | 0001 | MTC-00013721
Rutter, Mike | 0001 | MTC-00022567
rwa@ winterassoc.com | 0001 | MTC-00024233
Ryan | 0001 | MTC-00013043
Ryan, Bruce H. | 0001 | MTC-00031804
Ryan, Karen and Timothy | 0001 | MTC-00013089
Ryan, Keith | 0002 | MTC-00024030
Ryan, Kevin | 0001 | MTC-00014564
Ryan, Kevin | 0001 | MTC-00017272
Ryan, Marcus | 0002 | MTC-00016496
Ryan, Marjorie | 0002 | MTC-00033500
Ryan, Mike | 0001 | MTC-00025721
Ryan, Randy | 0001 | MTC-00004602
Ryan, Rich | 0002 | MTC-00031802
Ryan, Sean | 0001 | MTC-00028734
Ryan, Stacy | 0001 | MTC-00020852
Ryan, Tom | 0001 | MTC-00031456
Rybarczykt@ aol.com | 0001 | MTC-00006741
Rydberg, Gordie Barbara | 0001 | MTC-00028831
Ryder, Dan | 0002 | MTC-00002008
Ryken, Gina | 0001 | MTC-00026918
Ryland, Ray | 0001 | MTC-00029094
Rylander, Sandy | 0002 | MTC-00025441
Rymes, Tom | 0001 | MTC-00015663
Ryndyk, Myroslaw | 0002 | MTC-00024961
Ryness, Gar | 0001 | MTC-00024216
Ryness, Rebecca | 0001 | MTC-00027133
Rysdam, David | 0001 | MTC-00017471
Ryszka, Martin | 0002 | MTC-00033635
Rytting, Chad | 0002 | MTC-00015381
Saar, Nancy J. | 0001 | MTC-00033846
Saari, Matthew | 0001 | MTC-00026327
Saba, Maher | 0001 | MTC-00009287
Sabarin, Greg | 0001 | MTC-00014611
Sabbadini, Tony | 0001 | MTC-00007165
Sabean, Peter | 0001 | MTC-00006392
Sabrin, Joe | 0001 | MTC-00031009
Sacco, A. J. | 0002 | MTC-00023722
Sachs,Matthew | 0001 | MTC-00014907
Sachsenmaier, Genne | 0001 | MTC-00031148
Sachtjen, Robert | 0001 | MTC-00006082
Sackfamily@ aol.com | 0001 | MTC-00006643
Sackman, Don | 0001 | MTC-00006305
Sackman, Ron | 0001 | MTC-00029505
Saddig, Tareg | 0001 | MTC-00008690
Sadler, Joel C. | 0002 | MTC-00017248
Saeda, Thomas | 0001 | MTC-00028495
Saelak, David | 0001 | MTC-00026344
Saffer, Daniel | 0001 | MTC-00030996
Safir, Ann | 0001 | MTC-00002068
Sage, William L. | 0001 | MTC-00031991
Sager, John | 0001 | MTC-00019821
Sagstetter, Philip W. | 0001 | MTC-00004112
Sahr, Matthew | 0001 | MTC-00017017
Sahul, Zakir | 0001 | MTC-00018732
Saine, Beth | 0001 | MTC-00029658
Saine, Jason | 0001 | MTC-00033695
Saipetch, Ed | 0002 | MTC-00015909
sak2131@ aol.com | 0001 | MTC-00017320
Sakowski, Aaron | 0001 | MTC-00016119
Salamon, Andrew | 0002 | MTC-00026409
Salani, Steve | 0001 | MTC-00014265
Salazar, Byron | 0001 | MTC-00001367
Salehi, Cyrus | 0001 | MTC-00026575
Salem, George | 0003 | MTC-00019816
Sales, Juan P. | 0001 | MTC-00000712
Salgado, Katreena | 0001 | MTC-00030018
Saliba, Robert G. | 0001 | MTC-00007918
Salinas, David | 0002 | MTC-00014023
Salinas, Govino | 0001 | MTC-00015763
Salis, Howard | 0001 | MTC-00003580
Sallman, Mike | 0001 | MTC-00027634
Salman, Harry | 0001 | MTC-00014613
Salmon, James | 0001 | MTC-00027763
Salsman, James | 0003 | MTC-00018641
Salter, Adam Quddus | 0001 | MTC-00023037
Salter, WIllard E. | 0001 | MTC-00030170
Saltus, Harold G. | 0001 | MTC-00013807
Salus, Peter H. | 0001 | MTC-00010276
Salvo, Rick | 0001 | MTC-00007661
Salwen, Harvey I. | 0001 | MTC-00007217
Salzberg, Steven | 0001 | MTC-00026988
Samahon, Roman | 0001 | MTC-00001536
Saman, Kedar | 0001 | MTC-00003583
Sammartino, Lee | 0001 | MTC-00018595
Samolik, Matt | 0001 | MTC-00015550
Samolitis, John S. | 0001 | MTC-00010550
Sampat, Pragnesh | 0002 | MTC-00000913
Sample, Michael | 0001 | MTC-00006357
Sampson, Fred | 0001 | MTC-00022285
Sampson, Mike | 0001 | MTC-00029985
Samsa, Jason | 0001 | MTC-00016636
Samsing, James T. | 0002 | MTC-00025610
SamTharp@ aol.com | 0001 | MTC-00010979
Samuel, Shimone | 0001 | MTC-00018180
Samuelson II, Colin | 0001 | MTC-00005757
San Filippo, Scott | 0001 | MTC-00023261
Sanaswat, Amant K. | 0002 | MTC-00026842
Sanborn, A. | 0001 | MTC-00030389
Sanborn, Barbara | 0001 | MTC-00005230
Sanborn, Bob | 0001 | MTC-00011596
Sanchez, Rick | 0001 | MTC-00001892
Sandberg, Karen R. | 0001 | MTC-00006084
Sandel, Charles | 0001 | MTC-00021137
Sanders, Carl | 0001 | MTC-00007724
Sanders, Geoffrey | 0001 | MTC-00000488
Sanders, Peter | 0001 | MTC-00026965
Sanders, Preston | 0001 | MTC-00025958
Sanders, Richard Dianna | 0001 | MTC-00023765
Sanders, Robert | 0001 | MTC-00019630
Sanderson, J. W. | 0001 | MTC-00006494
Sandford, Michael | 0001 | MTC-00015470
Sandholm, Tom | 0002 | MTC-00014003
Sandirford, Phillip | 0001 | MTC-00004393
Sands, Carolyn | 0001 | MTC-00026809
Sandusky, John | 0001 | MTC-00030861
Sandven, Steven D. | 0001 | MTC-00029906
Sandy | 0001 | MTC-00027479
Sanford, Byrne | 0001 | MTC-00008202
Sanford, David | 0002 | MTC-00018806
Sanford, Gary | 0001 | MTC-00007751
Sanford, James | 0001 | MTC-00016630
Sanford, Ron | 0001 | MTC-00011553
Sanford, Scott | 0001 | MTC-00031152
Sanford, Sue | 0001 | MTC-00013172
Sanford, Sue | 0001 | MTC-00013177
Sangborg, Pis A. | 0002 | MTC-00013794
Sanger, Brett | 0001 | MTC-00016963
Sanguinetti, Susan | 0001 | MTC-00011348
Sansome, F. Rawls | 0001 | MTC-00001439
Santa Barbara Industrial Association | 0002 | MTC-00033689
Santa Barbara Tax Payers | 0002 | MTC-00029653
Santana, Mario | 0001 | MTC-00016518
Santana, Mario F. | 0001 | MTC-00007331
Santellanes, Carlos | 0002 | MTC-00009704
Santillo, Joseph A. | 0001 | MTC-00008759
Santopietro, Richard F. | 0001 | MTC-00010958
Santoro, Stefano | 0001 | MTC-00018446
Santos, Alan | 0001 | MTC-00018152
Santos, Dennis | 0001 | MTC-00008014
Santos, Renato De Los | 0001 | MTC-00030894
Santucci, Joan | 0001 | MTC-00006654
Santucci, Patrick J. | 0001 | MTC-00019906
Sanusi, Paul | 0001 | MTC-00006769
Sanz, Robert | 0001 | MTC-00012731
Sapp, Bryan | 0001 | MTC-00006410
Sapulra, Erwion | 0001 | MTC-00020093
Sardt, Carol | 0001 | MTC-00008440
Sargent, David | 0001 | MTC-00031110
Sarieh, Mike | 0001 | MTC-00005742
Sarieh, Mike | 0001 | MTC-00021691
Saroff, Matthew G. | 0001 | MTC-00018432
Sarracino, Jaylene | 0002 | MTC-00029069
Sarria, Miguel | 0001 | MTC-00005503
Sars, John M. | 0001 | MTC-00010216
Sartin, Robert | 0001 | MTC-00027970
Sartirana, Bruno | 0001 | MTC-00007156
Sasette, Steve | 0002 | MTC-00017775
Sass, Glenn and Penny | 0001 | MTC-00002305
Sassenhagen, Lilli | 0001 | MTC-00005388
Sasso, Catherine | 0001 | MTC-00006524
Satchmoz | 0001 | MTC-00009096
Sather, Arthur J. | 0001 | MTC-00025592
Satiish-Channa@ notes.amdah.com | 0002 | MTC-00028856
Satterfield, Brian | 0002 | MTC-00011707
Satterlee, Amos | 0001 | MTC-00003265
Satterwhite, Mary | 0001 | MTC-00025989
Satterwhite, Michael | 0001 | MTC-00004288
Satteson, Michael | 0004 | MTC-00028337
Sattler, William | 0001 | MTC-00015823
Sauage, Shaun | 0002 | MTC-00027807
Sauby, ROn | 0001 | MTC-00030074
Sauder, Doug | 0001 | MTC-00014770
Sauders, Janet | 0001 | MTC-00030400
Sauer, Marilee | 0001 | MTC-00028701
Sauerwein, Daniel | 0002 | MTC-00018831
Saul, Richard | 0002 | MTC-00010824
Saules, Jacob | 0001 | MTC-00017533
Saunders, Geoff | 0001 | MTC-00006693
Saunders, James | 0001 | MTC-00004565
Saunders, Pat | 0001 | MTC-00013745
Sauntry, David | 0001 | MTC-00009117
Sautter, Bill | 0001 | MTC-00007091
Savage, Bill | 0001 | MTC-00014311
Savage, Michael | 0001 | MTC-00016249
Savage, Ruth | 0001 | MTC-00020845
Savage, Toni | 0001 | MTC-00027025
Savalli, Fred | 0002 | MTC-00028510
Savliwala, Mustafa | 0001 | MTC-00006738
Sawhill, Don | 0001 | MTC-00007480
Sawyer, Bill | 0002 | MTC-00022619
Sawyer, David | 0001 | MTC-00018854
Sawyer, Judy | 0001 | MTC-00025956
Sawyer, Louis | 0001 | MTC-00025178
Sawyer, Steve | 0001 | MTC-00009576
Sawyer, Tom | 0001 | MTC-00029980
Sax, Mike | 0001 | MTC-00025104
Saxton, C. | 0002 | MTC-00010743
Saxton, Jim | 0001 | MTC-00004806
Sayer, Nicholas | 0002 | MTC-00009564
Saylor, Jean | 0001 | MTC-00009657
Sayman, Andrew | 0001 | MTC-00017613
Sayre, James | 0002 | MTC-00033824
Sayre, Scott | 0002 | MTC-00004998
Sayyadian, Mayssam | 0001 | MTC-00011053
SBaldlyn@ aol.com | 0003 | MTC-00029024
sbcascade@ msn.com | 0001 | MTC-00028601
Sbuandepol@ mac.com | 0001 | MTC-00014708
Scaer, Paul | 0001 | MTC-00003690
Scanlan, R. Patrick | 0001 | MTC-00008501
Scanlon, Rosemary | 0002 | MTC-00025501
Scanlon, Terry | 0002 | MTC-00009615
Scaramozzinno, Michael | 0002 | MTC-00001430
Scarborough, Hollis | 0002 | MTC-00019808
Scardina, Dawn | 0001 | MTC-00011011
Scarlet, Richard | 0002 | MTC-00025546
Scaturo, Victor | 0001 | MTC-00006022
Scavott, Stephen | 0002 | MTC-00033677
Schaaf, Andrew | 0001 | MTC-00027439
Schaaf, James M. | 0001 | MTC-00031160
Schaarschmidt, Allen | 0001 | MTC-00031755
Schaef, Alan | 0001 | MTC-00030373
Schaefer, Scott | 0001 | MTC-00020873
Schaefer, Stephen P. | 0001 | MTC-00007799
Schaeve, Carol | 0001 | MTC-00006172
Schafer, Doug | 0001 | MTC-00023894
Schafer, Doug | 0001 | MTC-00033383
Schafer, Leon | 0002 | MTC-00004816
Schafer, Marc | 0003 | MTC-00004739
Schaffel, Larry | 0001 | MTC-00008146
Schaffstall, Charles | 0001 | MTC-00007044
Schakelford | 0001 | MTC-00001960
Schaller, Rick | 0001 | MTC-00026647
Schaller, Scott | 0001 | MTC-00022146
Schames, Martin | 0001 | MTC-00005093
Schaper, Douglas B. | 0002 | MTC-00030756
Scharf, Luke | 0001 | MTC-00022107
Schatz, Eric M. | 0001 | MTC-00019165
Schatz, Paul N. | 0001 | MTC-00000325
Schatz, Thomas | 0002 | MTC-00029995
Schatzberg, Eric | 0002 | MTC-00021837
Schaub, P. David | 0001 | MTC-00020975
Schauber, Adam and Jo Ann | 0001 | MTC-00014771
Schaul, Phyllis | 0001 | MTC-00011711
Schaunaman, Craig | 0001 | MTC-00030041
Schaupp, Karl | 0001 | MTC-00022810
Scheck, Jason E. | 0001 | MTC-00017688
Scheele, Sara | 0001 | MTC-00010141
Scheer, Lawrence | 0002 | MTC-00019095
Scheide, Chip | 0003 | MTC-00002228
Scheidel, Scott | 0001 | MTC-00029874
Scheidler, Michael T. | 0001 | MTC-00017687
Scheie, Petre | 0001 | MTC-00003925
Scheie, Petre | 0001 | MTC-00021514
Scheirer, Jason | 0002 | MTC-00019270
Schemmel, Grant | 0001 | MTC-00017955
Schendel, Karl | 0001 | MTC-00022092
Scherer, Stephen | 0002 | MTC-00003708
Scherf, Steve | 0001 | MTC-00002941
Scherf, Steve | 0002 | MTC-00023373
Scherley, Orson | 0001 | MTC-00013765
Scherotter, Michael S. | 0001 | MTC-00009128
Scherping, Steve S. | 0002 | MTC-00001790
Scherping, Steve S. | 0002 | MTC-00008582
Scherrer, Jay | 0001 | MTC-00003207
Scheuplein, Carl R. and Lisa | 0001 | MTC-00025611
Schexnaydre, Larry | 0001 | MTC-00007150
Schifanella, Tom | 0001 | MTC-00007051
Schiff, Steve | 0001 | MTC-00016977
Schiffman, Howard | 0001 | MTC-00005928
Schildroth, Ronald | 0002 | MTC-00033420
Schilke, Ben | 0001 | MTC-00026733
Schima, Frank | 0001 | MTC-00025487
Schinnell, Debbie | 0001 | MTC-00029093
schirgotis@ earthlink.net | 0001 | MTC-00024250
Schlafly, Roger | 0001 | MTC-00003772
Schlag8775@ AOL.COM | 0001 | MTC-00006885
Schlecht, Joseph | 0001 | MTC-00003317
Schlecht, Joseph | 0001 | MTC-00003923
Schlesak, don | 0001 | MTC-00001457
Schlinkman, Patricia | 0001 | MTC-00025929
Schloss, Pete | 0002 | MTC-00001252
Schlosser, Margaret | 0002 | MTC-00032590
Schlueter, Wayne | 0001 | MTC-00013605
Schlunder, Ed | 0001 | MTC-00014900
Schmeiser, Steve | 0001 | MTC-00015183
Schmidt, Amy | 0001 | MTC-00014263
Schmidt, Bill | 0001 | MTC-00009724
Schmidt, Daniel F. | 0004 | MTC-00021338
Schmidt, Erich | 0001 | MTC-00003897
Schmidt, Erik | 0001 | MTC-00016799
Schmidt, H. J. | 0001 | MTC-00018866
Schmidt, Jeff | 0001 | MTC-00010173
Schmidt, Karl | 0001 | MTC-00020087
Schmidt, Keith | 0003 | MTC-00027385
Schmidt, Matthew | 0001 | MTC-00018869
Schmidt, Pete | 0001 | MTC-00004134
Schmidt, Peter | 0001 | MTC-00016467
Schmidt, Robert H. | 0001 | MTC-00026185
Schmidt, Steve | 0001 | MTC-00019996
Schmidt, Tod | 0001 | MTC-00015705
Schmidt, Walter C. | 0002 | MTC-00029558
Schmidt, Westly | 0001 | MTC-00010839
Schmiedel, Aaron | 0001 | MTC-00023305
Schmitt, Jeffrey D. | 0001 | MTC-00012086
Schmitt, Karl F. | 0001 | MTC-00007509
Schmitz, Burt | 0002 | MTC-00015820
Schmitz, Scott | 0002 | MTC-00000374
Schmotz, Doug | 0001 | MTC-00029365
Schneck, Paul J. | 0001 | MTC-00014562
Schneide, Joel | 0004 | MTC-00030352
Schneider, Charles | 0001 | MTC-00009574
Schneider, Charles | 0001 | MTC-00005961
Schneider, Frank | 0002 | MTC-00014738
Schneider, John | 0001 | MTC-00014061
Schneider, Lorette | 0001 | MTC-00011465
Schneider, Lorette | 0001 | MTC-00006202
Schneider, Louis F. | 0001 | MTC-00011496
Schneider, Neil | 0003 | MTC-00025604
Schneider, Richard F. | 0001 | MTC-00005128
Schneider, Scott | 0001 | MTC-00007010
Schneider, Stuart | 0001 | MTC-00017946
Schneider, William J. | 0001 | MTC-00030346
Schneider, Wolfgang | 0001 | MTC-00011207
Schneirov, Zachary | 0001 | MTC-00017117
Schnek, Kay | 0005 | MTC-00010546
Schnelz, Gene | 0001 | MTC-00007144
Schniederjans, Marc | 0001 | MTC-00008484
Schnurr, Carl | 0002 | MTC-00028923
Schober, Bryce | 0001 | MTC-00017147
Schober, Larry | 0001 | MTC-00005923
Schober, Larry | 0001 | MTC-00011531
SchoecK, Dale | 0001 | MTC-00019370
Schoenberg, Larry | 0001 | MTC-00005910
Schoenbert, Larry | 0001 | MTC-00011653
Schoendorf, Michael | 0001 | MTC-00032033
Schoenharl, Ed and Linda Sue | 0002 | MTC-00014640
Schoettler, Carl | 0002 | MTC-00033521
Schoettler, James R. | 0001 | MTC-00005941
Schofield, David | 0001 | MTC-00007908
Schofield, David | 0001 | MTC-00031469
Schollars, Rhoda E. | 0003 | MTC-00001331
Schollenberg, Robert | 0001 | MTC-00019031
Schoman, Donald | 0001 | MTC-00025515
Schonder, Matthias | 0002 | MTC-00008895
Schone, Ed | 0001 | MTC-00007878
Schonfeld, Klaus | 0002 | MTC-00031374
Schoof, Russell | 0001 | MTC-00018534
Schor, Robert A. | 0001 | MTC-00010340
Schornstein, Marilyn | 0001 | MTC-00031728
Schott, Jim | 0001 | MTC-00005759
Schouest, Paul | 0001 | MTC-00026090
Schrack, Greg | 0002 | MTC-00030336
Schrader, Scott | 0002 | MTC-00019663
Schram, Rhonda | 0001 | MTC-00030401
Schreck, Frank | 0001 | MTC-00003574
Schreck, Paul, J. | 0001 | MTC-00002591
Schreiber, Adam | 0001 | MTC-00014970
Schreiber, Ben | 0001 | MTC-00014827
Schreiber, jon | 0001 | MTC-00015850
Schreidber, John | 0001 | MTC-00014608
Schreiner, Charles | 0001 | MTC-00030540
Schreiner, Warren C. | 0001 | MTC-00029297
Schreuers, Michael R. | 0001 | MTC-00029585
Schrier, Nick | 0001 | MTC-00000103
Schroeder, Jay | 0003 | MTC-00032933
Schroeder, Jeff | 0002 | MTC-00023086
Schroeder, Michael J. | 0001 | MTC-00006931
Schroeder, Richard T. | 0001 | MTC-00006776
Schroeder, Robert | 0001 | MTC-00012779
Schroeder, Robin | 0001 | MTC-00005358
Schroepfer, K.R. | 0001 | MTC-00028464
Schroer, Greg | 0001 | MTC-00008342
Schroff, Guy | 0002 | MTC-00024380
Schubert, Wendell | 0001 | MTC-00004045
Schuch, John | 0001 | MTC-00017738
Schuetheiss, Michael | 0003 | MTC-00017332
Schuette, Bill | 0002 | MTC-00030355
Schuette, Marc | 0002 | MTC-00028870
Schuldberg, George | 0001 | MTC-00000748
Schuler, David W. | 0002 | MTC-00023341
Schuler, Kevin | 0001 | MTC-00027512
Schuler, Kevin | 0001 | MTC-00033565
Schulman, Dennis | 0001 | MTC-00010533
Schulte, Gary | 0002 | MTC-00016622
Schulte, Loras | 0001 | MTC-00029927
Schulte, Marie | 0001 | MTC-00029714
Schulthes, Vernon | 0001 | MTC-00006888
Schultz, Hayden | 0001 | MTC-00020963
Schultz, James | 0003 | MTC-00000440
Schultz, Michael | 0002 | MTC-00004630
Schulz, Brian | 0001 | MTC-00000474
Schulz, E. Matthew | 0001 | MTC-00024709
Schulz, Mike | 0001 | MTC-00031745
Schulz, Sylvia | 0001 | MTC-00022375
Schulz, Walter | 0002 | MTC-00033830
Schumacher, C. W. | 0001 | MTC-00006765
Schumacher, Janey | 0002 | MTC-00029364
Schumacher, Kevin | 0001 | MTC-00001726
Schuman, Donald | 0001 | MTC-00005320
Schusler, Sheldon | 0001 | MTC-00031578
Schwab, Richard | 0001 | MTC-00005267
Schwager, Pauline | 0001 | MTC-00022017
Schwarm, Alexander | 0001 | MTC-00023735
Schwartz, Anne | 0002 | MTC-00013425
Schwartz, Dan | 0002 | MTC-00029893
Schwartz, David P. | 0004 | MTC-00007713
Schwartz, Joe | 0001 | MTC-00018405
Schwartz, Steve | 0001 | MTC-00003278
Schwartz, Steve | 0001 | MTC-00005374
Schwartz, Stu | 0002 | MTC-00031559
Schwarz, Brian | 0001 | MTC-00017343
Schwarz, Chris | 0001 | MTC-00007154
Schwarz, Michael | 0001 | MTC-00004352
Schwarzt, Michael I. | 0001 | MTC-00003034
Schweers, Morgan | 0001 | MTC-00003422
Schweisguth, Melissa | 0001 | MTC-00028867
Schwenk, Nate | 0001 | MTC-00001704
Schweppe, Warren | 0001 | MTC-00002625
Schwitz, Michael | 0001 | MTC-00017273
Scmitz, James F. | 0001 | MTC-00016129
SCMpar242@ aol.com | 0001 | MTC-00007579
Scoblete, Michael | 0001 | MTC-00013620
Scoggens, Jumana | 0001 | MTC-00007998
Scoggins, Vern | 0001 | MTC-00007882
Scoggins, Vern | 0001 | MTC-00014266
Scoobedo13@ yahoo.com | 0001 | MTC-00010426
Scothern, John | 0001 | MTC-00014869
Scotney, Pierre | 0001 | MTC-00018803
Scotney, Pierre | 0001 | MTC-00018807
Scott | 0001 | MTC-00004803
Scott II, Larry | 0001 | MTC-00018995
Scott, Alvin | 0005 | MTC-00027210
Scott, Chuck | 0001 | MTC-00004797
Scott, Darpen | 0001 | MTC-00017152
Scott, David | 0001 | MTC-00001987
Scott, Edward | 0001 | MTC-00000028
Scott, Elliot | 0002 | MTC-00025993
Scott, Frank | 0001 | MTC-00006785
Scott, Justin | 0002 | MTC-00017807
Scott, Kip | 0001 | MTC-00029900
Scott, Leland | 0001 | MTC-00026198
Scott, Mac | 0001 | MTC-00022127
Scott, Ryan | 0001 | MTC-00020177
Scott, Stephen | 0001 | MTC-00031660
Scott, Steve | 0001 | MTC-00031415
Scott, Vivian | 0001 | MTC-00005718
Scott, Warren | 0002 | MTC-00031420
Scott, William | 0001 | MTC-00008751
Seaboldtt | 0001 | MTC-00019435
Seal, Philip | 0001 | MTC-00027223
Seals, John | 0001 | MTC-00016150
Seaman, Marver | 0002 | MTC-00031323
Seaquist, Steve | 0001 | MTC-00013968
Searing, Paul | 0001 | MTC-00026582
Searman, William | 0001 | MTC-00022941
Seaver, Mark A. | 0002 | MTC-00022937
Seay, Dorothy | 0001 | MTC-00012808
Seay, Samuel | 0001 | MTC-00016335
Sebahar, Mike | 0001 | MTC-00013385
Seboldt, Glenn | 0001 | MTC-00025273
Sechan, Gabriel | 0001 | MTC-00019440
Secret, David | 0001 | MTC-00011070
Secrist, Daniel and Susan | 0001 | MTC-00013437
Secrist, Van | 0002 | MTC-00001575
Secrist, Van | 0001 | MTC-00000667
Sedo, Arturo | 0001 | MTC-00004128
See, Eric | 0001 | MTC-00024307
Seebach, Peter | 0001 | MTC-00000125
Seeger, Jerry | 0001 | MTC-00004714
Seegert, Jason E | 0002 | MTC-00017866
Seehagen, John | 0001 | MTC-00000897
Seel, Lary | 0001 | MTC-00029075
Seeley, Michael | 0001 | MTC-00024357
Seelye, Ruth | 0001 | MTC-00008528
Seery, Richard | 0003 | MTC-00026081
Seff, George A. | 0002 | MTC-00018860
Segal, Leonard | 0001 | MTC-00024261
Segall, Mark | 0002 | MTC-00003160
Segebade, Bernard | 0001 | MTC-00006315
Seguin, Brian | 0002 | MTC-00028797
Seguin, Brian | 0002 | MTC-00030202
Seguin, Brian P. | 0002 | MTC-00026625
Seguin, Cleon | 0001 | MTC-00011601
Seidl, Andrew | 0001 | MTC-00015247
Seifert, Mark | 0001 | MTC-00000849
Seiferth, Justin | 0001 | MTC-00004071
Seikel, Kenneth | 0003 | MTC-00027698
Seiler, Jeff | 0001 | MTC-00005371
Seip, Roger Michael | 0001 | MTC-00015757
Seitz, Galen | 0001 | MTC-00027563
Selden, Thaddeus | 0001 | MTC-00014916
Seldon, Arnold | 0001 | MTC-00011621
Selister, Simon | 0001 | MTC-00012149
Sellers, C. Anthony | 0001 | MTC-00027408
Sellers, Jon | 0001 | MTC-00004518
Sellner, Kurt | 0001 | MTC-00016719
Sellon, Charles | 0002 | MTC-00033421
Sells, Daniel | 0001 | MTC-00027750
Selman, Larkin | 0001 | MTC-00022075
Selmer, Tracy | 0001 | MTC-00031472
Selmo, Joe | 0001 | MTC-00012912
Selnans, Wanda | 0001 | MTC-00030020
Selnick, Mary | 0001 | MTC-00008058
Selt, Ed | 0001 | MTC-00005953
selwacorp@ msn.com | 0001 | MTC-00024244
Semach, Dave | 0002 | MTC-00023365
Semel, Lee | 0001 | MTC-00016495
Semiraglio, Ray | 0001 | MTC-00024055
Senften, Donald | 0001 | MTC-00031134
Senften, Virginia | 0001 | MTC-00031135
Senftleben, Martin | 0002 | MTC-00004567
Senftleber, Martin | 0001 | MTC-00020126
Senior, Ben | 0001 | MTC-00020446
Senko, Frank | 0002 | MTC-00033443
Sensale, Rich and Deb | 0002 | MTC-00000479
Sentman, James | 0001 | MTC-00018798
Sepeta, Jeff | 0001 | MTC-00000551
Seppala, Doyle | 0001 | MTC-00018022
Serafini, Francis H. | 0001 | MTC-00013785
Seretean, Debra | 0001 | MTC-00031103
Sergeant, Steve | 0001 | MTC-00027520
Serpico, James, Cherye & Alex | 0002 | MTC-00030378
Sesher, Scott | 0001 | MTC-00017373
Sesnovich, B.A. | 0002 | MTC-00013480
Sesock, Kevin A. | 0001 | MTC-00017661
Sessions, D.C. | 0002 | MTC-00024125
Seth, Johanna | 0001 | MTC-00006535
Seth, Johanna | 0001 | MTC-00014022
Sethuraman, Krishna | 0001 | MTC-00019838
Setter, Gordon | 0002 | MTC-00001181
Settle, patrick | 0003 | MTC-00030758
Seufert, Timothy A. | 0002 | MTC-00019415
Seuhs, Roland | 0001 | MTC-00004566
Sevenich, Stephen | 0001 | MTC-00007233
Severdia, Ron | 0001 | MTC-00001728
Severdia, Ron | 0001 | MTC-00013048
Severino, Susan | 0001 | MTC-00029945
Sevey, John | 0002 | MTC-00015089
Seward, Jerome | 0001 | MTC-00026708
Sewell, Kenneth | 0001 | MTC-00015444
Sexton, Chris | 0001 | MTC-00015714
Sexton, Jamey | 0001 | MTC-00031847
Sexton, Jim | 0001 | MTC-00009131
Sexton, Lucinda | 0001 | MTC-00032963
Seybold, John B. | 0002 | MTC-00033266
Seymour, Donald | 0001 | MTC-00005326
Seymour, Matthew | 0001 | MTC-00030377
Sfikas, Ted | 0001 | MTC-00012877
Sfin5259@ aol.com | 0001 | MTC-00005676
Sfjet | 0001 | MTC-00005064
Shackelford, Grant | 0001 | MTC-00023614
Shackleford, Roy | 0001 | MTC-00030141
Shade, Carol | 0001 | MTC-00031403
Shafer, Andrew | 0001 | MTC-00025564
Shafer, Eugene | 0002 | MTC-00033612
Shafer, Matthew | 0001 | MTC-00018905
Shaffer Jr., Roger | 0002 | MTC-00018346
Shaffer, Jeff | 0001 | MTC-00003073
Shah, Amish | 0001 | MTC-00027359
Shah, Amit | 0002 | MTC-00026583
Shah, Dinesh | 0001 | MTC-00008142
Shah, Rajen | 0002 | MTC-00024891
Shahbaz, Ali | 0001 | MTC-00005436
shahlatiptan@ msn.com | 0001 | MTC-00014512
shailasg@ hotmail.com | 0001 | MTC-00014536
Shakeri, Mohammad | 0001 | MTC-00025211
Shallot, Ken | 0003 | MTC-00004253
Shaltz, Holly | 0001 | MTC-00026693
Shamoff, David | 0002 | MTC-00016836
Shane | 0002 | MTC-00021810
Shane, Howard | 0001 | MTC-00000756
Shaner, Leon | 0001 | MTC-00022259
Shaner, Patrick | 0002 | MTC-00026719
Shangraw, Keith | 0001 | MTC-00032109
Shank, Charles | 0001 | MTC-00015992
Shanks, Bayle | 0001 | MTC-00003611
Shanks, Louis | 0001 | MTC-00019828
Shanley, James F. | 0001 | MTC-00010916
Shannon, C. Vance | 0002 | MTC-00017834
Shannon, Donald | 0001 | MTC-00004356
Shannon-Biddiscombe, Sue | 0001 | MTC-00008160
Shapino, David | 0001 | MTC-00014489
Shapiro, Alen | 0002 | MTC-00027437
Shapiro, Gary | 0002 | MTC-00028274
Shapiro, Julian | 0001 | MTC-00021695
Shapiro, Lee G. | 0001 | MTC-00001810
Shapiro, Marc | 0002 | MTC-00018084
Shapiro, Phil | 0001 | MTC-00013294
Shapiro, Phil | 0001 | MTC-00001390
Sharanevych, Oleh | 0001 | MTC-00001684
Sharer, John | 0001 | MTC-00007975
Shark, W. Chris | 0001 | MTC-00016121
Sharp, Daryn | 0002 | MTC-00001677
Sharp, Harriet | 0001 | MTC-00009608
Sharp, Henry | 0001 | MTC-00009253
Sharp, John | 0001 | MTC-00032044
Sharp, Michael | 0002 | MTC-00028803
Sharp, Steven | 0001 | MTC-00022035
Shatto, John | 0001 | MTC-00006275
Shaver, William A. | 0005 | MTC-00027112
sHAW, bILL | 0001 | MTC-00007885
Shaw, Bob | 0001 | MTC-00021216
Shaw, Jason | 0001 | MTC-00008543
Shaw, John T. | 0001 | MTC-00016552
Shaw, Martha | 0002 | MTC-00018767
Shaw, Robert H. | 0001 | MTC-00010084
Shaw, Ryan; Mortensen, Leif; LaFrance, David | 0001 | MTC-00030671
Shaw, W. | 0002 | MTC-00011286
Shaw, William | 0001 | MTC-00001225
Shawn | 0001 | MTC-00000306
Shawnm@ wsp008010wss-inprise.com | 0001 | MTC-00016625
shawn—lm@ hotmail.com | 0001 | MTC-00025654
Shawrer, Gary | 0001 | MTC-00003715
Shawver, Gary W. | 0001 | MTC-00019558
Shawver, Rick | 0001 | MTC-00020858
shdwflen@ hotmail.com | 0001 | MTC-00011114
Shea, Andrew | 0001 | MTC-00016463
Sheafer, Jim | 0001 | MTC-00022477
Sheard, Ann | 0001 | MTC-00030221
Shearer, PArk | 0001 | MTC-00025109
Shears, Jacquelline and Leslie R | 0001 | MTC-00026915
Shed | 0001 | MTC-00009077
Shede, Gary | 0001 | MTC-00025530
Sheehan, Dave | 0001 | MTC-00000754
Sheehan, Jack | 0001 | MTC-00011608
Sheehan, Jack | 0002 | MTC-00026729
Sheffer, Eric | 0002 | MTC-00015728
Sheffer, Vincent | 0001 | MTC-00003539
Sheiman, David | 0001 | MTC-00000680
Shekerjian, Onnie | 0002 | MTC-00027810
Shekhawat, Ajay | 0001 | MTC-00015149
Shelby, Cynthia | 0001 | MTC-00017789
Sheley, Todd | 0001 | MTC-00021920
Shelgren, Robert N. | 0002 | MTC-00013473
Shell, Elliot | 0001 | MTC-00006893
Shelly, Jeff | 0001 | MTC-00003824
Shelton, Carol | 0001 | MTC-00022829
Shelton, Michael W. | 0002 | MTC-00004792
Shelton, Robert | 0001 | MTC-00002835
Shelton, Robert and Linda | 0001 | MTC-00026709
Shelts, Robert | 0002 | MTC-00029560
Shemano, David | 0002 | MTC-00016634
Shen, Marg Euyang | 0001 | MTC-00011333
Shen, Mary Euyang | 0001 | MTC-00000733
Shenassa, Samrod | 0002 | MTC-00025527
Shenk, Robert | 0001 | MTC-00029366
Shenk, Ronald | 0002 | MTC-00024305
Sheoner, Andrew | 0003 | MTC-00023962
Shepard, Alex | 0001 | MTC-00017484
Shepard, Keith | 0001 | MTC-00006063
Shepard, Mark | 0001 | MTC-00016178
Shephard, Kent L. | 0001 | MTC-00004761
Shepherd, John | 0001 | MTC-00006089
Shepherd, Matt | 0002 | MTC-00024082
Shepherd, Steven | 0001 | MTC-00033325
Shepherd, William | 0001 | MTC-00022143
Shepherd, William R. | 0001 | MTC-00003903
Sheppard, Richard | 0001 | MTC-00012852
Sher, Brett | 0001 | MTC-00014264
Sheri | 0001 | MTC-00006087
Sheridan, Robert | 0002 | MTC-00031051
Sherman, Aaron | 0001 | MTC-00024616
Sherman, Douglas | 0001 | MTC-00022615
Sherman, Ken | 0001 | MTC-00002089
Sherman, Ken | 0001 | MTC-00009880
Sherman, Kenneth | 0001 | MTC-00030974
Sherman, Michael | 0001 | MTC-00015388
Sherman, Robert | 0001 | MTC-00004922
sheronvanta@ everstkc.net | 0001 | MTC-00020938
Sherrill, Don | 0001 | MTC-00006286
Sherry, Stephen | 0001 | MTC-00023700
Sherwick, Steve | 0001 | MTC-00015911
Sherwood, Don | 0001 | MTC-00007180
Shibilski, Kevin | 0001 | MTC-00031972
Shick, Kenneth | 0001 | MTC-00030358
Shields, Joseph | 0002 | MTC-00009307
Shiffer, Jason L. | 0001 | MTC-00016164
Shimberg, Myrna-Sue | 0001 | MTC-00031370
Shimono, Ronald | 0001 | MTC-00010165
Shimono, Yosh | 0001 | MTC-00006623
Shin, Meena | 0001 | MTC-00013813
Shin, Sangchul | 0001 | MTC-00010566
Shinners, Pete | 0001 | MTC-00022376
shinpou@ clubaa.com | 0001 | MTC-00027462
Shiplett, Michael | 0001 | MTC-00023651
Shipley, Tom | 0001 | MTC-00005136
Shipman, Anthony | 0001 | MTC-00005328
Shipos, Dan | 0001 | MTC-00013495
Shirazi, Arild | 0001 | MTC-00013590
Shirely, Jennifer | 0001 | MTC-00023187
Shireng, John | 0001 | MTC-00016619
Shockley, Daniel A. | 0001 | MTC-00001229
Shoemaker, Kent | 0002 | MTC-00031161
Shoeman, Stanley | 0001 | MTC-00007841
Shokah-Alai, Davar | 0001 | MTC-00011635
Sholes, Joshua D. | 0001 | MTC-00021666
Shook, Joseph | 0001 | MTC-00031162
Shook, Karen | 0001 | MTC-00024269
Shook, Kathleen | 0001 | MTC-00031692
Shook, Ray | 0001 | MTC-00013147
Shooner, John | 0001 | MTC-00031719
Shoop, Joe | 0001 | MTC-00003656
Short, Georgia R. | 0001 | MTC-00031382
Short, Rob | 0002 | MTC-00001397
Shoshitaishvvili, Yan | 0001 | MTC-00027526
Shostack, Adam | 0001 | MTC-00010267
Shotwell, Frank | 0001 | MTC-00016420
Shoup, Jay | 0001 | MTC-00003215
Shouse, Richard | 0001 | MTC-00006453
Showalter, Bran | 0002 | MTC-00028550
Showalter, Brian | 0001 | MTC-00030013
Shrack, Greg | 0002 | MTC-00018133
Shrader, Jameo E. | 0001 | MTC-00005662
Shreve, Mike | 0001 | MTC-00008886
Shrorm, Cebert W. | 0001 | MTC-00025514
Shrum, Cebert W. | 0001 | MTC-00027218
Shryer, Paul | 0001 | MTC-00027453
Shryer, Paul | 0001 | MTC-00033542
Shubert, William | 0002 | MTC-00017770
Shue, Ron | 0001 | MTC-00000124
Shuey, Crystal | 0001 | MTC-00024817
Shufelt, J. Ray | 0001 | MTC-00029657
Shukle, Carol | 0001 | MTC-00010471
Shulamit | 0001 | MTC-00024695
Shulan, David | 0001 | MTC-00005129
Shuler, Robert | 0002 | MTC-00000425
Shultz, Walter | 0002 | MTC-00033680
Shumate, Clif and Helen | 0002 | MTC-00029119
Shumate, Lincoln | 0001 | MTC-00000631
Shumber, Anthony | 0001 | MTC-00010206
Shuvalov, Andrew | 0001 | MTC-00017742
Shvey, Jeff | 0002 | MTC-00025429
Shvey, Michael | 0002 | MTC-00027743
Shwake, Raymond | 0001 | MTC-00028473
Shyn, Tony | 0001 | MTC-00030017
Sibley, Carol Morse | 0001 | MTC-00029997
Siciliano, Mike | 0001 | MTC-00029515
Sickenberger, William | 0001 | MTC-00006477
Sickenger, Ralph | 0002 | MTC-00009659
Sidbury, Jennifer | 0001 | MTC-00030055
Siddalingaiah, Prashanth | 0002 | MTC-00018144
Siddoway, Derick | 0001 | MTC-00025108
Sidis, Sam and Shirley | 0001 | MTC-00008825
Sidner, Sid | 0001 | MTC-00009170
Siebet, Doug | 0004 | MTC-00009707
Siebold, Edward | 0001 | MTC-00014170
Sieg, Nolan | 0001 | MTC-00007125
Siegel, David | 0001 | MTC-00006658
Siegel, Janet | 0001 | MTC-00031439
Siemans, Daniel | 0001 | MTC-00014815
Sienko, Matthew | 0003 | MTC-00017487
Siglar, Jamie | 0002 | MTC-00016792
signerector@ hotmail.com | 0001 | MTC-00010333
Sihnott, Adrien P. | 0001 | MTC-00026986
Sihnott, Steve | 0002 | MTC-00021571
Sikand, Shivinder | 0001 | MTC-00003613
Silesky, Steve | 0001 | MTC-00006297
Sills, David | 0002 | MTC-00021930
Silton, Rick | 0001 | MTC-00017554
Silva, Fernando | 0001 | MTC-00013185
Silva, Mary | 0001 | MTC-00009926
Silva, Peter | 0004 | MTC-00004992
Silveira, Ruth | 0001 | MTC-00001374
Silver, John | 0001 | MTC-00017375
Silver, Russell | 0001 | MTC-00020278
Silvera, Robert | 0001 | MTC-00018250
Silverberg, Albert | 0001 | MTC-00006653
Silverman, Elliot | 0001 | MTC-00007286
Silverman, Jeff | 0002 | MTC-00002906
Silverman, Mike | 0001 | MTC-00015648
Silvis, Andrew | 0001 | MTC-00014844
Simas, JJ | 0001 | MTC-00026544
Sime, Lloyd | 0001 | MTC-00030165
Simerson, Matt | 0002 | MTC-00016368
Siminitz, Tad | 0002 | MTC-00003162
Simkatis, Anne and Alan | 0001 | MTC-00008946
Simke, Jack | 0002 | MTC-00003537
Simkowitz, Howard | 0001 | MTC-00023515
Simmenroth, Holly | 0001 | MTC-00005687
Simmers, Larry | 0002 | MTC-00000339
Simmonds, Muriega | 0001 | MTC-00016819
Simmons, Edward A. | 0001 | MTC-00026972
Simmons, Elinor | 0001 | MTC-00022336
Simmons, Frances | 0001 | MTC-00015096
Simmons, Fred | 0001 | MTC-00008861
Simmons, Jerry | 0001 | MTC-00007991
Simmons, Judy J. | 0001 | MTC-00010117
Simo, Leonard | 0001 | MTC-00014699
Simoes, Chris | 0001 | MTC-00018587
Simon, Paul G. | 0001 | MTC-00032042
Simon, Thomas J. | 0001 | MTC-00010631
Simoncini, Kenneth | 0001 | MTC-00031328
Simoneau, Linda | 0001 | MTC-00005750
Simons, Nathan | 0001 | MTC-00016816
Simonsen, Wanda | 0001 | MTC-00009674
Simonson, Curtis | 0001 | MTC-00016163
Simpkinson, Doug | 0001 | MTC-00017135
Simplicio, Tvalla | 0002 | MTC-00028339
Simpson, David | 0001 | MTC-00013619
Simpson, Howard | 0001 | MTC-00005496
Simpson, Jason | 0001 | MTC-00017662
Simpson, John | 0001 | MTC-00031912
Simpson, Joseph | 0001 | MTC-00005296
Simpson, Lary | 0001 | MTC-00005587
Simpson, Michael | 0001 | MTC-00003660
Simpson, Mike | 0001 | MTC-00016736
Simpson, Payne | 0002 | MTC-00016987
Simpson, Robert | 0002 | MTC-00011282
Simpson, Sean | 0002 | MTC-00019496
Simpson, Stuart | 0001 | MTC-00027440
Sims, Jeanne | 0001 | MTC-00005973
Sims, Mozelle | 0001 | MTC-00007382
Sinasohn, Roger | 0001 | MTC-00018024
Singer, Doug | 0001 | MTC-00008925
Singer, Jonathan | 0001 | MTC-00030711
Singer, Jonathon | 0001 | MTC-00030718
Singer, Paul | 0003 | MTC-00029502
Singh, Niringan | 0001 | MTC-00014949
Singh, Raj | 0002 | MTC-00019221
Singletary, Bradey A. | 0001 | MTC-00025586
Sipe, Maynard | 0002 | MTC-00029087
Sipin, Mike | 0001 | MTC-00003976
Sipin, Rich | 0001 | MTC-00016213
Sipkes, Gus | 0001 | MTC-00031459
Sirignano, Robert | 0001 | MTC-00009948
Sirkin, Alan | 0001 | MTC-00008326
Sirkin, Bert | 0001 | MTC-00030455
Sirmon, Gary | 0001 | MTC-00003623
Sirvatka, W.E. | 0001 | MTC-00013820
Sislow, Joe | 0001 | MTC-00016829
Sisson, Allen | 0001 | MTC-00030514
Sisson, Kevin | 0001 | MTC-00015796
SistoKid1@ aol.com | 0001 | MTC-00005831
Sith, Lord | 0001 | MTC-00004702
Sitoyen, Joseph | 0001 | MTC-00013415
Sitterle, Mark | 0001 | MTC-00029135
Sitze, Kevin | 0001 | MTC-00021781
sitzman@ upstel.net | 0001 | MTC-00014546
Six, Scirocco M. | 0001 | MTC-00018795
sixkidsb@ aol.com | 0001 | MTC-00017219
sjsgrs@ iowatelecom.net | 0001 | MTC-00014326
Skagen, Ruthella | 0001 | MTC-00012837
Skaggs, Ronald | 0001 | MTC-00030025
Skallas, Mike | 0001 | MTC-00015332
Skan, Lester | 0002 | MTC-00014744
Skeem, Christian | 0001 | MTC-00025961
Skerik, Joe | 0001 | MTC-00026630
Skezas, Geoge | 0001 | MTC-00009344
Skidmore, Nancy and Dennis | 0002 | MTC-00031543
Skidmore, Thomas | 0001 | MTC-00022802
Skillern, Cherie L. | 0002 | MTC-00002783
Skinn, David | 0002 | MTC-00031409
Skinner, Carolyn & Rodger | 0003 | MTC-00030242
Skinner, Dennis | 0001 | MTC-00000684
Skinner, Steve | 0001 | MTC-00006689
Skinner, Suzanne B. | 0002 | MTC-00008273
Skinner, Tom | 0002 | MTC-00027879
Skipper, Steve | 0002 | MTC-00010641
Sklar Instruments | 0001 | MTC-00001862
Sklarhoff | 0001 | MTC-00031118
Skoag, Ron | 0001 | MTC-00022913
Skora, Michael | 0002 | MTC-00019870
Skye, Peter | 0002 | MTC-00003253
Slack, Scott | 0001 | MTC-00029220
Slack, Scott | 0001 | MTC-00003840
Slack, Walter | 0001 | MTC-00033714
Slagle, James | 0001 | MTC-00023066
Slagle, Paul | 0001 | MTC-00025516
Slagle, Paul | 0001 | MTC-00025505
Slass, Michael | 0001 | MTC-00018457
Slater, Steve | 0001 | MTC-00004028
Slatton, Traci | 0002 | MTC-00033578
Slayton, Gregory | 0002 | MTC-00005010
Slayton, Gregory | 0001 | MTC-00008119
Slayton, Gregory | 0001 | MTC-00011378
Slayton, Gregory | 0001 | MTC-00014374
Slayton, Gregory | 0001 | MTC-00015619
Slayton, Marina | 0001 | MTC-00010619
Slayton, Marshall | 0001 | MTC-00016071
Slifka, Gearld | 0001 | MTC-00029670
Sloan, Joseph | 0001 | MTC-00018782
Slobe, Gerry J. | 0002 | MTC-00005115
Slocum, Samuel | 0001 | MTC-00021095
Slover, Robert | 0004 | MTC-00003749
Sluis, Adam | 0001 | MTC-00006851
Small, Don | 0001 | MTC-00014793
Small, Earl C. | 0001 | MTC-00002573
Small, Olive K. | 0001 | MTC-00032011
Small, Rodger | 0001 | MTC-00008913
Smallman, Jim | 0001 | MTC-00005748
Smallwood, Ed | 0001 | MTC-00005368
Smallwood, Edward K. | 0001 | MTC-00023131
Smart-Gill, Dickon | 0001 | MTC-00005632
Smead, David | 0001 | MTC-00002934
Smego, Mary Ann S. | 0001 | MTC-00031487
Smelcer, kenneth | 0001 | MTC-00017758
Smelters, Diana | 0001 | MTC-00017981
Smethells, Greg | 0001 | MTC-00025097
Smetter, Daniel J. | 0001 | MTC-00030798
Smilanich, Jim | 0001 | MTC-00009776
Smiley, Lloyd | 0002 | MTC-00005842
Smiley, LLoyd | 0001 | MTC-00025340
Smit, Marilyn | 0001 | MTC-00020570
Smith, Jeff | 0001 | MTC-00005688
Smith, Adam | 0001 | MTC-00015760
Smith, Amanda L. | 0001 | MTC-00013485
Smith, Andre | 0001 | MTC-00024116
Smith, Andre | 0001 | MTC-00033416
Smith, Andrew T. | 0001 | MTC-00028899
Smith, Andy | 0001 | MTC-00005714
Smith, Arthur P. | 0002 | MTC-00003887
Smith, Barbara | 0001 | MTC-00010140
Smith, Benjamin | 0002 | MTC-00000445
Smith, Benjamin | 0001 | MTC-00016556
Smith, Bertie | 0001 | MTC-00008248
Smith, Bob | 0003 | MTC-00028819
Smith, Brad | 0001 | MTC-00029296
Smith, Brent | 0001 | MTC-00009784
Smith, Brent | 0001 | MTC-00030444
Smith, Calvin | 0001 | MTC-00014938
Smith, Charles | 0001 | MTC-00033819
Smith, Christopher | 0001 | MTC-00004733
Smith, Christopher A. | 0001 | MTC-00026543
Smith, Christopher Matthew | 0001 | MTC-00016149
Smith, Clay | 0001 | MTC-00005413
Smith, Clifton L. | 0001 | MTC-00007562
Smith, Daniel Mead | 0001 | MTC-00025413
Smith, David | 0001 | MTC-00005439
Smith, David | 0002 | MTC-00019311
Smith, David | 0001 | MTC-00020058
Smith, David | 0001 | MTC-00020809
Smith, David | 0001 | MTC-00020868
Smith, david | 0001 | MTC-00019814
Smith, David A. | 0001 | MTC-00007342
Smith, Donald | 0002 | MTC-00017556
Smith, Dorothy | 0001 | MTC-00010322
Smith, Doug | 0002 | MTC-00031305
Smith, Douglas | 0002 | MTC-00023212
Smith, Eric | 0001 | MTC-00004681
Smith, Eric | 0001 | MTC-00019009
Smith, Eugene | 0001 | MTC-00020596
Smith, Frances B. | 0002 | MTC-00028513
Smith, Frank | 0001 | MTC-00007001
Smith, Fred | 0001 | MTC-00006683
Smith, Fremont | 0001 | MTC-00029107
Smith, Georgia | 0001 | MTC-00005416
Smith, God | 0001 | MTC-00030998
Smith, Greg | 0001 | MTC-00031375
Smith, Gregory J. | 0001 | MTC-00004758
Smith, Joyce | 0001 | MTC-00029098
Smith, J. Lansing | 0001 | MTC-00022523
Smith, J. Marshall | 0002 | MTC-00023594
Smith, J. R. | 0001 | MTC-00030454
Smith, James | 0002 | MTC-00024780
Smith, James L. | 0001 | MTC-00031418
Smith, James R. | 0002 | MTC-00029562
Smith, Jan | 0001 | MTC-00026058
Smith, Jane | 0001 | MTC-00009930
Smith, Janet | 0002 | MTC-00011071
Smith, Jason | 0001 | MTC-00016843
Smith, Jason | 0001 | MTC-00022414
Smith, Jean | 0001 | MTC-00006446
Smith, Jean | 0001 | MTC-00011752
Smith, Jean | 0001 | MTC-00011753
Smith, Jean-Michel | 0001 | MTC-00015864
Smith, Jeff | 0001 | MTC-00016438
Smith, Jeffrey | 0001 | MTC-00016928
Smith, Jeffrey | 0002 | MTC-00027798
Smith, Jennifer | 0001 | MTC-00026321
Smith, Jeremy | 0001 | MTC-00018908
Smith, Jim | 0001 | MTC-00000865
Smith, Jim | 0002 | MTC-00005282
Smith, Joe | 0002 | MTC-00022060
Smith, Joey | 0003 | MTC-00004573
Smith, John | 0001 | MTC-00020490
Smith, John and Virginia | 0001 | MTC-00005307
Smith, Joyce | 0001 | MTC-00006234
Smith, Julius | 0002 | MTC-00003720
Smith, Karl J. | 0001 | MTC-00028543
Smith, Ken | 0001 | MTC-00003576
Smith, Kevin | 0002 | MTC-00010001
Smith, Kevin | 0001 | MTC-00025247
Smith, Kevin | 0001 | MTC-00007445
Smith, Kevin | 0001 | MTC-00007640
Smith, Kevin | 0001 | MTC-00029871
Smith, Lanny | 0002 | MTC-00004357
Smith, Larry | 0002 | MTC-00010209
Smith, Laura | 0002 | MTC-00029517
Smith, Lester L. | 0001 | MTC-00026001
Smith, Lois | 0001 | MTC-00007290
Smith, Marie ALlen | 0001 | MTC-00025280
Smith, Mary | 0001 | MTC-00009555
Smith, Mary Lou | 0002 | MTC-00031127
Smith, Mathis | 0001 | MTC-00013453
Smith, Matthew W. | 0001 | MTC-00033691
Smith, Michael | 0001 | MTC-00007207
Smith, Michael | 0001 | MTC-00015032
Smith, Mike | 0002 | MTC-00004489
Smith, Milo D. | 0001 | MTC-00006650
Smith, Mitchell | 0001 | MTC-00001173
Smith, Nathan | 0001 | MTC-00017164
Smith, Nathaniel | 0002 | MTC-00019653
Smith, Norma J. | 0001 | MTC-00030874
Smith, Patrick L. | 0001 | MTC-00018222
Smith, Paul | 0001 | MTC-00021089
Smith, Paul | 0001 | MTC-00023727
Smith, Paul E. | 0001 | MTC-00001244
Smith, Peter | 0001 | MTC-00022419
Smith, Peter | 0001 | MTC-00018048
Smith, Peter F. | 0001 | MTC-00014752
Smith, Phil | 0001 | MTC-00000868
Smith, Philip | 0001 | MTC-00021822
Smith, Rev. Samuel M. | 0001 | MTC-00010120
Smith, Rich | 0001 | MTC-00027825
Smith, Richard | 0001 | MTC-00029400
Smith, Robert | 0001 | MTC-00006544
Smith, Robert | 0002 | MTC-00032080
Smith, Rod | 0002 | MTC-00016666
Smith, Rodney | 0002 | MTC-00000155
Smith, Rodney | 0001 | MTC-00017011
Smith, Ron | 0001 | MTC-00025287
Smith, Russell | 0001 | MTC-00031018
Smith, Ryan | 0001 | MTC-00016264
Smith, Stanford | 0001 | MTC-00006294
Smith, Stephanie | 0002 | MTC-00033438
Smith, Stephen R. | 0001 | MTC-00006052
Smith, Steve | 0003 | MTC-00001089
Smith, Steven | 0001 | MTC-00003567
Smith, T. Clifford | 0002 | MTC-00030111
Smith, Tim | 0001 | MTC-00018080
Smith, Timothy | 0001 | MTC-00019076
Smith, Timothy D. | 0001 | MTC-00021130
Smith, Torney | 0001 | MTC-00013112
Smith, Travis | 0001 | MTC-00006780
Smith, Virginia | 0001 | MTC-00020822
Smith, Wayne L. | 0001 | MTC-00028392
Smitter, John L. | 0001 | MTC-00001224
Smothers, Randy | 0002 | MTC-00015898
Snead, Jerry D. | 0001 | MTC-00029091
Sneidermeyer@ cob.org | 0001 | MTC-00004135
Snell, Bill | 0001 | MTC-00006697
Snellman, Roj | 0002 | MTC-00022050
Snelson, Everett | 0001 | MTC-00007279
Snider, Brian | 0001 | MTC-00029524
Sniffen, Brian | 0001 | MTC-00017158
Snipe, Mark | 0002 | MTC-00029885
Snithson, Fraser | 0002 | MTC-00027708
Snitily, Mark W. | 0002 | MTC-00018791
Snively, John M. | 0001 | MTC-00025633
Snodgrass, Glenda R. | 0002 | MTC-00010654
Snow, Michael | 0001 | MTC-00031691
Snow, Paul | 0001 | MTC-00020103
Snydal, Craig | 0001 | MTC-00003721
Snyder, Agatha | 0001 | MTC-00008989
Snyder, Ben | 0002 | MTC-00015171
Snyder, Erik | 0001 | MTC-00013560
Snyder, Erik | 0001 | MTC-00001878
Snyder, Jim | 0003 | MTC-00027399
Snyder, Justin | 0001 | MTC-00002082
Snyder, Lorrane | 0001 | MTC-00023930
Snyder, Peter | 0001 | MTC-00003603
Snyder, Raymond | 0001 | MTC-00033733
Snyder, Ronald | 0001 | MTC-00010215
Snyder, S. O. | 0003 | MTC-00030315
Snyder, Scott | 0001 | MTC-00003866
Sobel, Jerome L. | 0001 | MTC-00008497
Sober, Jimmy | 0001 | MTC-00027290
Sobon, Robert | 0001 | MTC-00030750
Sobon, Robert | 0001 | MTC-00006073
Soccio, Matt | 0002 | MTC-00004221
Soderstrom, Bjorn | 0001 | MTC-00026896
Sodos, Steve | 0001 | MTC-00025173
Softguides | 0001 | MTC-00015139
Softky, William | 0001 | MTC-00019016
Software and Information Industry Association |  | MTC-00028449
Software, Opera | 0009 | MTC-00004963
Sohanchyk, Richard | 0001 | MTC-00000375
Sokol, Glenn | 0001 | MTC-00015462
Solaas, Hugh | 0001 | MTC-00005504
Solaas, Hugh | 0001 | MTC-00025900
Solberg, Chris | 0001 | MTC-00029209
Sole, Joseph A. | 0001 | MTC-00030323
Soler, George | 0003 | MTC-00027085
Soler, George | 0002 | MTC-00031626
Solinskey, Jason W. | 0002 | MTC-00027580
Solo, Camas G. | 0001 | MTC-00030476
Solo, Lane McManus | 0001 | MTC-00029584
Solomon, C. | 0001 | MTC-00011497
Solomon, Dave | 0002 | MTC-00027598
Soltesz, Gaetan | 0001 | MTC-00015558
Solvarg, Arnie | 0003 | MTC-00028263
Soman, Kedouc | 0001 | MTC-00029334
Somerville, Andy | 0002 | MTC-00018076
Sommer, Kim A. | 0001 | MTC-00000710
Somson, David and Cheryl | 0001 | MTC-00029628
Sondhi, Jay | 0001 | MTC-00007042
Sondhi, Jay | 0001 | MTC-00010987
Sone, Kenneth | 0001 | MTC-00029693
Sonnathi, Venkat | 0001 | MTC-00002635
Sonne, Byron | 0001 | MTC-00004216
Sontag, Michael | 0002 | MTC-00030086
Soos, Henry | 0001 | MTC-00031697
Sopchek, David | 0001 | MTC-00014610
Sorak, Richard | 0001 | MTC-00016851
Sorensen, Arthur | 0001 | MTC-00006284
Sorensen, Donna | 0001 | MTC-00031568
Sorenson, Rodger | 0001 | MTC-00010271
Sorger, Jonathan | 0002 | MTC-00027354
Sorin | 0001 | MTC-00003118
Sorkin, Dan | 0001 | MTC-00005147
Sorokin-Altmann, Jedidiah | 0001 | MTC-00013165
Sorrell, Kurt | 0001 | MTC-00024056
Sosa, Miguel | 0002 | MTC-00000272
Sose, Kaiser | 0001 | MTC-00019997
Sosenko, John | 0002 | MTC-00025349
Sosnoski, Dennis | 0001 | MTC-00013144
Sosnoski, Dennis M. | 0003 | MTC-00022774
Souder, Brian | 0002 | MTC-00019967
Soukup, Kevin | 0003 | MTC-00022594
Soul, William | 0001 | MTC-00015404
Soulier, Frederic | 0001 | MTC-00004048
Soussa, Ronald | 0001 | MTC-00011883
South, Charles | 0004 | MTC-00000066
Southwell, Margaret | 0002 | MTC-00019627
Soutter, Robert D. and Aline | 0002 | MTC-00031384
Sowa, John | 0001 | MTC-00000785
Spacey@ attbi.com | 0001 | MTC-00028920
Spacher, Mark | 0002 | MTC-00026267
Spaeth, David C. | 0001 | MTC-00018459
Spain, Mark | 0001 | MTC-00005903
Spain, Steven J. | 0001 | MTC-00025975
Spannus, Timothy W. | 0002 | MTC-00026497
Spark, Randy | 0001 | MTC-00003306
Sparkles, Salo | 0001 | MTC-00004189
Sparks, Jeremy | 0001 | MTC-00016992
Sparks, Josh | 0001 | MTC-00009154
Sparks, R. Heller | 0001 | MTC-00031799
Sparrow, Issac | 0002 | MTC-00019534
Sparrow, Steve | 0001 | MTC-00009859
Spaur, John | 0001 | MTC-00026473
Spear, John | 0001 | MTC-00028838
Speare, Geoff | 0001 | MTC-00012775
Spearman, Jonathan | 0002 | MTC-00004242
Spearman, Jonathan | 0003 | MTC-00004896
Spears, Jesse | 0002 | MTC-00013055
Spears, Jesse | 0002 | MTC-00001672
Spears, Rod | 0001 | MTC-00022513
Spears, Todd | 0002 | MTC-00004013
Speck, Stephen | 0001 | MTC-00017148
Spector, David | 0002 | MTC-00015001
Spector, Norman | 0001 | MTC-00000609
Spedder, Rush H. | 0001 | MTC-00009074
speedy39@ attbi.com | 0001 | MTC-00017311
Speigel, David | 0001 | MTC-00022508
Spenard, Mike | 0001 | MTC-00015152
Spence, Charles | 0001 | MTC-00005653
Spence, Lane | 0001 | MTC-00013963
Spence, Ray | 0002 | MTC-00027517
Spencer Jr, Michael | 0001 | MTC-00015105
Spencer, Clark | 0001 | MTC-00030040
Spencer, Graham | 0001 | MTC-00014879
Spencer, Kennard A. | 0001 | MTC-00033841
Spencer, Lee | 0001 | MTC-00004766
Spencer, Pamela | 0001 | MTC-00030181
Spencer, Pamela | 0001 | MTC-00030136
Spencer, Pamlea | 0001 | MTC-00028942
Sperry, Jack | 0001 | MTC-00006662
Sperry, Jack Haretta | 0001 | MTC-00031104
Sperry, Max | 0001 | MTC-00030779
Spicer, John | 0001 | MTC-00000923
Spicer, John H. | 0001 | MTC-00003827
Spicklemine, Gerald | 0002 | MTC-00003826
Spie, Henry | 0001 | MTC-00006520
Spiegelberg, Eric | 0001 | MTC-00015726
Spielman, Karl | 0001 | MTC-00030106
Spiesz, Kris | 0001 | MTC-00013482
Spilger, Philip G. | 0001 | MTC-00003901
Spilker, John | 0001 | MTC-00029114
Spillane, Sean | 0001 | MTC-00017952
Spillman, Garett | 0002 | MTC-00023513
Spink, Tim | 0001 | MTC-00027919
Spires, Jeremiah B. | 0001 | MTC-00006267
Spires, Shannon | 0003 | MTC-00026187
Spirit@ hevanet.com | 0001 | MTC-00028709
Spisak, Jason | 0001 | MTC-00018538
Spisak, Jason | 0002 | MTC-00018544
Spitz, Cory | 0001 | MTC-00012612
Spitzer, Cameron | 0001 | MTC-00003100
Spochak, David | 0001 | MTC-00001192
Spooner, Richard | 0001 | MTC-00011548
Sporanza, Paul | 0005 | MTC-00028995
sportsranch@ msn.com | 0001 | MTC-00028122
Spot@ draves.org | 0001 | MTC-00017818
Spotswood, Robert | 0001 | MTC-00019915
Spragens, Joy | 0001 | MTC-00006475
Sprague, Don | 0001 | MTC-00000653
Sprandel, Tim | 0001 | MTC-00013972
sprice@ hyperaction.net | 0001 | MTC-00028134
Springer, Bob | 0002 | MTC-00026875
Springer, John | 0001 | MTC-00001877
Springer, John | 0001 | MTC-00026953
Springer, Martin | 0001 | MTC-00006072
Sproul, Lawrence | 0001 | MTC-00004051
Sprouse, David | 0001 | MTC-00031544
Spruill, Janice | 0001 | MTC-00020829
Spruill, Russell | 0001 | MTC-00025157
Spruill, Russell | 0001 | MTC-00026519
Spung, Rick | 0002 | MTC-00001061
Spurr, Alfred E. | 0001 | MTC-00003946
Spurr, Greg | 0001 | MTC-00002480
Squire, Kevin | 0002 | MTC-00019014
Squires, Matt | 0004 | MTC-00014813
Srinivasan, Vikram | 0001 | MTC-00027043
Srivastava, Anand | 0001 | MTC-00016994
Srivastava, Anand | 0001 | MTC-00015044
Srivastava, Samir | 0002 | MTC-00027657
Srulowitz, Marvin | 0001 | MTC-00005990
SSL@ Tiac.net@ inetgw | 0002 | MTC-00019495
ssochor@ stny.rr.com | 0001 | MTC-00024275
St Clair, Douglas | 0001 | MTC-00003712
St-Pierre, Daniel | 0001 | MTC-00014960
St. Aise, Yaka | 0004 | MTC-00009709
St. Clair, Michael T. | 0001 | MTC-00031172
St. JEan, Patrick | 0002 | MTC-00017653
St. John, Bob | 0001 | MTC-00018157
St. Onge, Dorothy | 0001 | MTC-00009839
St. Pierre, Jay | 0001 | MTC-00017848
St.Louis, Deanna | 0002 | MTC-00024514
Stacey, Oliver | 0001 | MTC-00016923
Stackhouse, Chris | 0001 | MTC-00010557
Stacy, Chris | 0002 | MTC-00001995
Stadelhofer, Scott | 0001 | MTC-00007208
Stadler, Martin J. | 0001 | MTC-00004246
Stage, John | 0001 | MTC-00011033
Staggs, Michael | 0002 | MTC-00000408
Stagman, Ryan | 0001 | MTC-00005348
Stahara, Gary | 0001 | MTC-00000409
Stahara, Gary | 0001 | MTC-00022090
Stahl, Garry | 0001 | MTC-00018125
Stahl, Martin | 0001 | MTC-00020321
Stahl, Neil | 0001 | MTC-00011236
Staib, Billie | 0002 | MTC-00029070
Staib, Christina | 0001 | MTC-00009036
Staib, George | 0001 | MTC-00009038
Stainer, Ingo | 0002 | MTC-00009487
Stair, David | 0001 | MTC-00018474
Stalbaum, Brett | 0001 | MTC-00000537
Stalcup, Bryan | 0001 | MTC-00018110
Staley, Perry | 0001 | MTC-00030850
Staley, Perry L. | 0001 | MTC-00005933
Stallings, Steven M. | 0001 | MTC-00009940
Stallone, Cosmo | 0001 | MTC-00023541
Stallone, Cosmo | 0001 | MTC-00010886
Stallone, Cosmo | 0001 | MTC-00023531
Stambaugh, Tammy | 0001 | MTC-00010642
Stambaugh, Thomas and Lori | 0001 | MTC-00029589
Stamler, Gordon | 0001 | MTC-00031414
Stamper, Lenore | 0001 | MTC-00007096
Stan | 0001 | MTC-00022482
Stanckis, Andrejvs | 0001 | MTC-00009347
Stanczak, Rick | 0001 | MTC-00000900
Standage, Ron | 0001 | MTC-00015794
Standal, Bluebell | 0002 | MTC-00033483
Standal, John | 0002 | MTC-00033461
Stanfield, E. | 0001 | MTC-00006352
Stanfield, Earl | 0001 | MTC-00013068
Stangl, Barry | 0001 | MTC-00007423
Stanke, Ray | 0001 | MTC-00007503
Stankiewicz, Andres | 0001 | MTC-00025799
Stanley, Charles | 0001 | MTC-00004882
Stanley, David | 0001 | MTC-00000463
Stanley, David | 0002 | MTC-00008358
Stanley, Jeremiah | 0001 | MTC-00016839
Stanley, Josh | 0001 | MTC-00018227
Stanley, Louise | 0001 | MTC-00007095
Stanley, Paul | 0001 | MTC-00014122
Stanley, Steve | 0001 | MTC-00019894
Stano, Anthony | 0001 | MTC-00005874
Staph, Jason | 0001 | MTC-00015775
Stapleton, Mark | 0001 | MTC-00028479
Stapleton,Mark T. | 0001 | MTC-00018743
Staplin, Ted | 0001 | MTC-00007973
Starback, Edward | 0001 | MTC-00016333
Starbuck, Lisa | 0001 | MTC-00010738
Starch, Phillip | 0001 | MTC-00029665
Starcomp | 0001 | MTC-00015422
Stare, Virginia | 0001 | MTC-00029393
starflt@ sat.net | 0001 | MTC-00010335
Stark, Jerry | 0001 | MTC-00030510
Stark, Roy | 0001 | MTC-00017870
Starkey, Scoot | 0001 | MTC-00015391
Starkrman, Jay | 0002 | MTC-00004754
Starnes, Jim | 0001 | MTC-00006767
Starnes, Jon H. | 0002 | MTC-00031699
Starnes, Terry | 0001 | MTC-00031663
Starr, Frank | 0002 | MTC-00030737
Starr, Gerald | 0001 | MTC-00004604
Starr, Sherri | 0001 | MTC-00005737
Starr, Wendell T. | 0001 | MTC-00033655
Starts, Richard | 0001 | MTC-00020049
Starzewski, Pete | 0001 | MTC-00001284
Stasko, Mike | 0001 | MTC-00014133
Stastny, Richard | 0001 | MTC-00007065
Stathakis, Jennifer | 0001 | MTC-00015591
Statham, Peter | 0001 | MTC-00014948
Statler, Mark D. | 0001 | MTC-00007793
Staton, Larry R. | 0001 | MTC-00025943
Staudenmeier, Paul | 0002 | MTC-00028005
Stauffer, Clyde | 0001 | MTC-00003472
Stauffer, Michele | 0001 | MTC-00028142
Staughton, Dale | 0001 | MTC-00031424
Stavely, Jotham | 0006 | MTC-00012618
Stavely, Joy | 0001 | MTC-00008511
Stb145@ juno.com | 0001 | MTC-00026901
Stearn, Cheryl | 0001 | MTC-00028343
Stearns, William | 0002 | MTC-00003774
Stearns, Winifred Anthony | 0001 | MTC-00017244
Stebbins, Malcolm | 0002 | MTC-00003795
Steele, Chrys | 0001 | MTC-00007607
Steele, Chuck | 0001 | MTC-00029684
Steele, Colin | 0001 | MTC-00018539
Steele, Dave | 0001 | MTC-00008565
Steele, Donald L. | 0001 | MTC-00010242
Steele, Philip | 0001 | MTC-00028302
Steele, Steve | 0001 | MTC-00024743
Steele, Susan | 0001 | MTC-00006817
Steenkamp, Andre | 0001 | MTC-00002832
Steensby, Walter | 0002 | MTC-00002196
Steensina, Keith | 0001 | MTC-00008381
Steere, David | 0001 | MTC-00021570
Steers, Cory | 0001 | MTC-00015678
Stefanov, N. | 0001 | MTC-00015168
Stefenel, Rudy | 0002 | MTC-00025637
Steffen, Mona Mehta | 0001 | MTC-00011492
Steffrey, Roy | 0001 | MTC-00031572
Stegner, Timothy | 0001 | MTC-00020887
Stehlek, Jim | 0001 | MTC-00005301
Steichen, Jim | 0001 | MTC-00003257
Stein, Fred | 0001 | MTC-00020197
Stein, Herman Riley | 0001 | MTC-00033053
Stein, James P. | 0003 | MTC-00026147
Stein, William | 0001 | MTC-00031904
Steinbach, Rob | 0001 | MTC-00014347
Steinbecker, Larry | 0002 | MTC-00008410
Steinberg, Steven H. | 0001 | MTC-00003927
Steinberg, Steven H. | 0001 | MTC-00007357
Steiner, Greg | 0002 | MTC-00030117
Steiner, John | 0002 | MTC-00026686
Steingold, Sam | 0001 | MTC-00004693
Steingold, Sam | 0001 | MTC-00016613
Steinhart, Harka | 0003 | MTC-00004923
Steinhour, Leif | 0001 | MTC-00016971
Steinhurst, Josh | 0001 | MTC-00015350
Steinke, Kate | 0001 | MTC-00024087
Steinke, Ronald | 0002 | MTC-00010836
Steinman, Jan | 0002 | MTC-00002094
Steinman, Scott | 0001 | MTC-00024334
Stelow, Dean | 0001 | MTC-00006703
Stemen, Ray and Judy | 0001 | MTC-00023521
Stence, Jesse | 0001 | MTC-00023723
Stenchever, Marc | 0001 | MTC-00004957
Stengel, John | 0001 | MTC-00030772
Stennis, Earl A. | 0002 | MTC-00023915
Stenstream, Robert | 0001 | MTC-00031658
Stepan, Barbara | 0001 | MTC-00014260
Stephans, Michael | 0001 | MTC-00001371
Stephen, Mike | 0002 | MTC-00004490
Stephen, Mike | 0002 | MTC-00017978
Stephens, Devon | 0001 | MTC-00019779
Stephens, J.M. | 0001 | MTC-00010204
Stephens, Joseph & Maxir | 0001 | MTC-00030182
Stephens, Marty | 0001 | MTC-00011535
Stephens, Phil | 0001 | MTC-00002767
Stephens, Scott A. | 0001 | MTC-00002549
Stephens, Stu | 0001 | MTC-00027131
Stephenson, Brad | 0001 | MTC-00007748
Stephenson, Norman | 0001 | MTC-00020566
Stephenson, Richard T. | 0001 | MTC-00019445
Stephenson, Tom | 0001 | MTC-00005823
Stepp, Lewis | 0003 | MTC-00006561
Stepp, Lewis | 0002 | MTC-00030746
Sterbenz, William K. | 0002 | MTC-00023461
Sterian, Andrew | 0002 | MTC-00016309
Sterling, Charles R. | 0002 | MTC-00019342
Sterling, James | 0001 | MTC-00019515
Sterling, Nicholas | 0002 | MTC-00019902
Stermler, Stewart J. | 0001 | MTC-00018824
Stern, Dan | 0001 | MTC-00005386
Stern, John | 0001 | MTC-00030059
Stern, Josh | 0001 | MTC-00015311
Sternberg, Richard S. | 0002 | MTC-00007412
Sterner, Jack | 0002 | MTC-00027221
Sterner, William H. | 0005 | MTC-00022303
Sterns, Phil | 0001 | MTC-00020839
Stetson, Douglas G. | 0001 | MTC-00015193
Steurt, Skip | 0002 | MTC-00001622
Steve | 0002 | MTC-00019036
Steve | 0002 | MTC-00025745
Stevens, Borden B. | 0001 | MTC-00014647
Stevens, Brian | 0001 | MTC-00016154
Stevens, Derek | 0001 | MTC-00008956
Stevens, Derek | 0001 | MTC-00027454
Stevens, Joe | 0003 | MTC-00015271
Stevens, Robert and Natalie | 0002 | MTC-00028258
Stevens, Sean | 0001 | MTC-00001873
Stevens, Thelma | 0001 | MTC-00008078
Stevens, Thelma | 0001 | MTC-00026323
Stevens, William | 0002 | MTC-00003416
Stevens, William F. | 0002 | MTC-00031785
Stevens, William F. | 0001 | MTC-00008846
Stevenson | 0001 | MTC-00033616
Stevenson, Craig | 0002 | MTC-00003468
Stevenson, John | 0001 | MTC-00026662
Stevenson, Leo | 0001 | MTC-00029253
Stevenson, Mike | 0001 | MTC-00004285
Stevenson, Richard | 0001 | MTC-00006367
Stevenson, Robert W. | 0001 | MTC-00005654
Stevenson, T.Q. | 0001 | MTC-00005066
Stever, David | 0001 | MTC-00022061
Steverson, Derik | 0001 | MTC-00028756
Steward, Bob | 0003 | MTC-00017760
Stewart, Angela M. | 0001 | MTC-00029662
Stewart, Art | 0001 | MTC-00016153
Stewart, Carl | 0001 | MTC-00024495
Stewart, Charles | 0002 | MTC-00027617
Stewart, Craig W. | 0001 | MTC-00005583
Stewart, David | 0002 | MTC-00030097
Stewart, Dee | 0001 | MTC-00033693
Stewart, Fitz | 0001 | MTC-00011696
Stewart, Guy | 0002 | MTC-00023672
Stewart, J. | 0001 | MTC-00006088
Stewart, James J. | 0001 | MTC-00002682
Stewart, Jeffrey | 0001 | MTC-00029028
Stewart, John | 0001 | MTC-00018437
Stewart, Mark | 0002 | MTC-00029452
Stewart, Roger | 0001 | MTC-00026340
Stewart, Sandy | 0001 | MTC-00014171
Stewart, William | 0001 | MTC-00015804
Stiggz, Sherry | 0001 | MTC-00001479
Stiles, Jason W. | 0002 | MTC-00009264
Stiles, Jim | 0001 | MTC-00020912
Stiles, John | 0001 | MTC-00014251
Stillie, Christopher | 0001 | MTC-00007612
Stillion, Minda | 0001 | MTC-00010103
Stillwaggon, Daniel Charles | 0001 | MTC-00022116
Stilmack, Henry | 0002 | MTC-00018484
Stilz, Mike | 0001 | MTC-00020562
Stimpson, Mike | 0002 | MTC-00026085
Stimpson, Todd | 0001 | MTC-00015675
Stingley, Ron | 0001 | MTC-00031705
Stinson, Charles | 0001 | MTC-00031165
Stinson, Charles B. | 0002 | MTC-00010594
Stipler, Joan | 0002 | MTC-00028842
Stirk, Tony | 0001 | MTC-00023662
Stirling, M. David | 0002 | MTC-00030423
Stobart, Peter | 0002 | MTC-00032043
Stobaugh, Meal | 0002 | MTC-00028907
Stock, Bob | 0001 | MTC-00031756
Stock, Stuart | 0001 | MTC-00016053
Stockdale, Cathal | 0002 | MTC-00016243
Stocker, Bob | 0001 | MTC-00002797
Stocking, Jim | 0001 | MTC-00018870
Stockman, Robert L. | 0001 | MTC-00006430
Stoddard, Dave | 0001 | MTC-00015047
Stoddard, David | 0001 | MTC-00023942
Stoddard, Mike | 0001 | MTC-00005627
Stoddard, Mike | 0001 | MTC-00005778
Stoddard@ mail.altelco.net@ inetgw | 0001 | MTC-00003024
Stoewe, Walter | 0001 | MTC-00006439
Stoffel, Mick | 0001 | MTC-00011790
Stogsdill, Gary | 0001 | MTC-00005266
Stokes, David | 0002 | MTC-00016050
Stokes, Doreen | 0003 | MTC-00024949
Stokes, Sharon | 0001 | MTC-00006292
Stokes, Spencer | 0001 | MTC-00010109
Stoll, Kurt | 0002 | MTC-00001468
Stolt, Chuck | 0001 | MTC-00013401
Stone, Chris | 0001 | MTC-00000410
Stone, Christopher | 0001 | MTC-00003648
Stone, Glen R. | 0002 | MTC-00010612
Stone, Mike | 0001 | MTC-00013894
Stone, Mitch | 0001 | MTC-00027891
Stone, Sergio C. | 0001 | MTC-00025226
Stone, Steve | 0002 | MTC-00019559
Stone, Tabby | 0001 | MTC-00014238
Stone, William | 0001 | MTC-00008756
Stone, William | 0002 | MTC-00028038
Stoneham, John | 0001 | MTC-00022803
Stoneman, Gatewood | 0001 | MTC-00031569
Stoner, I. Paul | 0002 | MTC-00030109
Stoner, Richard | 0001 | MTC-00013791
Stonere, Roy | 0002 | MTC-00017517
Stones, Rick | 0002 | MTC-00020314
Stoos, Ralph | 0003 | MTC-00021163
Storer, Chris | 0001 | MTC-00017726
Storey, Richard | 0002 | MTC-00011201
Storey, Robert | 0001 | MTC-00013124
Storey, William | 0001 | MTC-00007159
Storm, Card | 0001 | MTC-00030309
Storm, Carol | 0001 | MTC-00030333
Storm, David | 0001 | MTC-00007905
Storm, Ed | 0001 | MTC-00017930
Stormberg, Bob | 0001 | MTC-00018046
Stortz, Bill | 0001 | MTC-00006215
Story, A. P. | 0001 | MTC-00011353
Stoughton, Dale | 0001 | MTC-00006278
Stout, Anne G. | 0001 | MTC-00008088
Stout, J. Justin | 0001 | MTC-00032134
Stout, Jim | 0001 | MTC-00008114
Stout, Justin | 0001 | MTC-00002586
Stout, Mark | 0002 | MTC-00017003
Stout, Mark | 0002 | MTC-00004120
Stout, Paul | 0001 | MTC-00011584
Stout, Rocky | 0001 | MTC-00014891
Stout, Rocky | 0001 | MTC-00014904
Stox, Kenneth | 0001 | MTC-00018186
Stpehenson, Carol | 0001 | MTC-00006529
Stphenson, Bruce | 0001 | MTC-00015916
StPierre, Meredith | 0001 | MTC-00008394
Stracchio, Paul | 0002 | MTC-00023946
Straight, Jason | 0004 | MTC-00000813
Strain, Walter | 0001 | MTC-00008323
Strait, Matthew | 0001 | MTC-00016041
Strampach, Norman | 0001 | MTC-00016466
Strand, Brian | 0001 | MTC-00017675
Strand, CArolyn | 0001 | MTC-00030176
Strand, Donald | 0001 | MTC-00012871
Strang, James E. | 0002 | MTC-00027895
Strang, Jeff | 0001 | MTC-00016144
Strange, E. | 0001 | MTC-00025499
Strange, Malcolm | 0002 | MTC-00031577
Strangnell, Ben | 0001 | MTC-00019988
Stratton, Joshua | 0001 | MTC-00003703
Straub, David | 0002 | MTC-00021071
Straus, jim | 0001 | MTC-00017178
Strauss, Fred | 0001 | MTC-00027554
Strauss, Gary C. | 0001 | MTC-00003952
Strauss, Glenn | 0001 | MTC-00020214
Streagholt, Hillary | 0001 | MTC-00032056
Strecter, Thomas | 0001 | MTC-00016673
Streeter, Bernard A. | 0002 | MTC-00031353
Streeter, George | 0001 | MTC-00002493
Streeter, Thomas | 0001 | MTC-00003904
Streicher, William | 0002 | MTC-00028260
Stremcive, Steven | 0001 | MTC-00016847
Stretesky, Jaye | 0001 | MTC-00029674
Strick, Douglas | 0001 | MTC-00024925
Strick, Stan | 0001 | MTC-00026477
Strickland, Barabara | 0001 | MTC-00009569
Strickland, Milo | 0001 | MTC-00014458
Stricklin, Shawn | 0001 | MTC-00016220
Striger, Josh | 0001 | MTC-00016123
Striker, Chris | 0001 | MTC-00005356
Strilowich, Russ | 0001 | MTC-00007460
Stringer, Robert | 0001 | MTC-00005338
Strnad, Jason W. | 0001 | MTC-00015907
Stro-mnaes, Bjo-rn | 0001 | MTC-00020348
Strobel, Eric L. | 0002 | MTC-00013446
Strobel, Ronald V. | 0001 | MTC-00007493
Strohl, Robert | 0001 | MTC-00008023
Strom Erik | 0008 | MTC-00015403
Stromberg, Dan | 0001 | MTC-00003882
Stromberg, Robert | 0001 | MTC-00016134
Stromsdorfer, Boyd | 0001 | MTC-00002766
Strong, Benjamin | 0001 | MTC-00005519
Strong, Bob | 0001 | MTC-00028989
Strong, Thomas | 0001 | MTC-00024084
Stroud, Paul | 0001 | MTC-00014890
Stroud, Richard and Beverly | 0001 | MTC-00031027
Strunk, Jerry | 0001 | MTC-00005768
Strutts, Jill | 0001 | MTC-00030051
Stuart, Chuck | 0001 | MTC-00014884
Stuart, Doug | 0001 | MTC-00031419
Stuart, L B. | 0001 | MTC-00006431
Stuart, MaryAnn | 0001 | MTC-00026105
Stuart, Terry | 0001 | MTC-00026922
Stubits, Eva | 0001 | MTC-00028715
Stucky, Jeff | 0001 | MTC-00006782
Studer, Louis L. | 0001 | MTC-00029066
Stults, Brian | 0002 | MTC-00017724
Stump, Joe | 0001 | MTC-00003676
Stump, Marilyn | 0001 | MTC-00031611
Stump, Marjorie | 0002 | MTC-00033499
sturde@ az.com | 0007 | MTC-00028349
Sturgill, Thom | 0001 | MTC-00015222
Sturm, Jeff | 0001 | MTC-00018026
Sturm, Merle | 0001 | MTC-00028979
Sturm, Noel | 0001 | MTC-00020143
Stvenson, Craig | 0003 | MTC-00003495
Styles, Edward | 0001 | MTC-00004605
Styles, J. | 0001 | MTC-00000439
Su, Derek | 0001 | MTC-00009827
Su, Shiaw | 0001 | MTC-00006616
Subramaniam, Baskaran | 0001 | MTC-00013205
Suchy, Andrew | 0002 | MTC-00005312
Sucsy, Arthur C., Dr. | 0003 | MTC-00009755
Sudbrink, Craig | 0001 | MTC-00031803
Suddia, Toreq | 0001 | MTC-00030804
Sudindranath, Dahan Jay | 0001 | MTC-00004209
Sudman, Ruthann | 0002 | MTC-00026256
Sue, Jeffrey Y. | 0001 | MTC-00026887
Sue@ pecco.com | 0001 | MTC-00010419
sueamark@ msn.com | 0001 | MTC-00028621
Sueger, John | 0001 | MTC-00023178
Suenddal, G. R. | 0001 | MTC-00026908
Suftafson, Ed | 0001 | MTC-00030875
Sugarbaker, Mike | 0001 | MTC-00018421
Sugars, Kirk | 0002 | MTC-00004520
Suhaka, Andy | 0001 | MTC-00032112
Suhn, Vernon | 0001 | MTC-00029671
Sukthankar | 0001 | MTC-00017356
Sukthankay, Gita | 0001 | MTC-00017063
Sulander, Lee | 0001 | MTC-00006302
Sullivan, Daniel T. | 0001 | MTC-00014455
Sullivan, David | 0001 | MTC-00024475
Sullivan, Frances T. | 0001 | MTC-00030322
Sullivan, John P. | 0001 | MTC-00005890
Sullivan, Lawrence | 0001 | MTC-00031491
Sullivan, Margaret | 0001 | MTC-00007226
Sullivan, Michaels | 0002 | MTC-00016148
Sullivan, Neil | 0001 | MTC-00026349
Sullivan, Seamus | 0001 | MTC-00017146
Sullivan, Thomas F. | 0001 | MTC-00011241
Sullivan, Thomas F. | 0001 | MTC-00028577
Sullivan, Timothy | 0001 | MTC-00031546
Sullivan, Viriginia | 0002 | MTC-00030759
Sullivan, Wendy | 0001 | MTC-00006821
Sullivan, Zeroth Mark P. | 0001 | MTC-00029478
Sum, Redmund | 0001 | MTC-00007453
Sumadi, Samer | 0001 | MTC-00007389
Sumey, Roger | 0001 | MTC-00027353
Suminsby, Dave | 0001 | MTC-00021795
Summerfield, William F | 0001 | MTC-00029785
Summers, Bob | 0001 | MTC-00030873
Summers, Brenda J. | 0001 | MTC-00033840
Summers, Brian | 0002 | MTC-00020179
Summers, Frank | 0002 | MTC-00016827
Summers, Harry | 0001 | MTC-00006899
Sumner, Andrews | 0001 | MTC-00019252
Sun, Fred | 0001 | MTC-00005069
Sun, Hooky | 0001 | MTC-00024016
Sun, Valerie | 0001 | MTC-00014727
Sundblad, Sten | 0002 | MTC-00020432
Sundquist, David | 0002 | MTC-00026995
Sundstrom, Richard M. | 0002 | MTC-00030760
Suquitan, Oz | 0001 | MTC-00027449
Sur, Larry | 0001 | MTC-00007020
Sur, Sylvia | 0001 | MTC-00007193
Surline, George W. | 0001 | MTC-00006858
Surra | 0001 | MTC-00015948
Susalis, Christopher R. | 0001 | MTC-00009858
Sussman, Mark | 0001 | MTC-00011029
Sutherland, Joseph | 0001 | MTC-00022922
Sutherland, Mark | 0001 | MTC-00028413
Suttan, Charles | 0001 | MTC-00020021
Suttell, Frank | 0001 | MTC-00018762
Sutton, Beatrice | 0001 | MTC-00025603
Sutton, Joel | 0001 | MTC-00024819
Svanberg, C. | 0001 | MTC-00003751
svedvik@ wt6.usdoj.gov | 0001 | MTC-00004859
Svenselius, Wilhelm | 0001 | MTC-00020523
Svinkelstin, Jeremy | 0002 | MTC-00011024
Svinkelstin, Jeremy | 0002 | MTC-00011023
Svjagintsev, Jueri | 0001 | MTC-00004340
Svoboda, Albert | 0002 | MTC-00026649
Swafford, Joe | 0002 | MTC-00005190
Swain, James E. | 0001 | MTC-00027272
Swain, Scott | 0001 | MTC-00025890
Swain, Sheris | 0001 | MTC-00005197
Swallow, Greg | 0002 | MTC-00032128
Swaminathan, Panchanadam | 0002 | MTC-00006509
Swan, Brian | 0001 | MTC-00016884
Swan, Diane | 0002 | MTC-00026935
Swan, Tom | 0001 | MTC-00010239
Swannsboro, Eugen | 0001 | MTC-00020826
Swanson, Christian | 0001 | MTC-00024203
Swanson, Eric | 0002 | MTC-00004531
Swanson, Eric R. | 0001 | MTC-00023160
Swanson, Scott | 0001 | MTC-00027317
Swarts, Kevin | 0002 | MTC-00024545
Swartz, Aaron | 0001 | MTC-00018482
Swartz, Deborah | 0002 | MTC-00031220
Swartz, Jason | 0001 | MTC-00018393
Swauger, Fred | 0001 | MTC-00011784
Swaum, Thomas | 0001 | MTC-00027625
Sweard, Bill | 0001 | MTC-00029097
Swearingen, Kevin | 0001 | MTC-00014975
Sween, William R. | 0001 | MTC-00022768
Sweeney, Brian | 0002 | MTC-00031953
Sweeney, D. | 0001 | MTC-00033704
Sweeney, Kenneth | 0001 | MTC-00033688
Sweeney, Marie | 0001 | MTC-00031046
Sweet, John M. | 0001 | MTC-00023153
Sweet, Judyth K. | 0002 | MTC-00012566
Sweetland, Jesse | 0002 | MTC-00015568
Sweetman, James | 0001 | MTC-00011267
Sweetman, Michael | 0001 | MTC-00023890
Sweger, Andrew | 0001 | MTC-00020145
Swenson, Jeff | 0001 | MTC-00004570
Swenson, Susan M. | 0001 | MTC-00007723
Swent, Norm | 0001 | MTC-00007014
Swent, Norm | 0001 | MTC-00013159
Swentek, Scott | 0001 | MTC-00024193
Swerdfeger, Howard | 0002 | MTC-00019986
Swern, Ruth | 0002 | MTC-00026075
Sweyd, Michael | 0001 | MTC-00026311
Sweyer, Pat | 0001 | MTC-00031586
Swift, Joan | 0001 | MTC-00019598
Swift, Myles J. | 0001 | MTC-00010258
Swift, Patricia | 0001 | MTC-00005902
Swigger, David | 0002 | MTC-00022367
Swindell, A.B. | 0002 | MTC-00031342
Swingley, Christopher | 0001 | MTC-00018217
Swinney, John | 0002 | MTC-00030800
Switzer, Ched | 0001 | MTC-00018528
Syed, Zikria | 0001 | MTC-00006946
Syka, Andrew | 0001 | MTC-00026017
Sylvester, Robert, Quintan, Marie | 0002 | MTC-00030626
Symanski, Joseph | 0001 | MTC-00031453
Symens, Paul | 0001 | MTC-00029902
Symionow, Todd | 0002 | MTC-00028396
Symonds, H. N. | 0001 | MTC-00030880
Synan, Chris | 0001 | MTC-00002485
Syndergaard, Ernie | 0001 | MTC-00024608
Sypek, Michael F. | 0001 | MTC-00014008
Sypek, Michael F. | 0001 | MTC-00028201
Syversten, Michael | 0002 | MTC-00023318
Syzszka, Sebastian | 0001 | MTC-00015657
Szakes, Peter | 0001 | MTC-00014478
Szalapski, Rob | 0001 | MTC-00003342
Szekely, Julie | 0001 | MTC-00022480
Szenasy, Marinelle K. | 0001 | MTC-00006019
Szewcyck, Stephen | 0002 | MTC-00003375
Szoke, Martha | 0002 | MTC-00023958
Szvlik, Peter | 0001 | MTC-00017843
Szymanski, Tom | 0001 | MTC-00011072
T.L. | 0001 | MTC-00026070
TA | 0002 | MTC-00014186
Tabasko, Mike | 0001 | MTC-00001670
Tabassi, Sanee | 0001 | MTC-00007761
Taber, Rod | 0002 | MTC-00006894
Tack, Dylan | 0001 | MTC-00016237
Tacke, Stephen | 0001 | MTC-00027790
Tackett, Duane | 0001 | MTC-00009751
Tackett, Richard | 0001 | MTC-00007714
Taggart, Matt | 0001 | MTC-00023699
Taggart, Thomas P. | 0001 | MTC-00018566
Tai | 0001 | MTC-00018821
Tait, Joseph | 0001 | MTC-00007296
Tait, Paul M. | 0002 | MTC-00028361
Tajima, Bob | 0001 | MTC-00003717
Takada, Kevin | 0001 | MTC-00014436
Takada, Pam | 0001 | MTC-00004722
Takahashi, Gary | 0001 | MTC-00019382
Talbot, Donald G. | 0002 | MTC-00014361
talbot, George | 0001 | MTC-00017112
Talbot, John | 0002 | MTC-00003822
Talbot, Jonathon S. | 0001 | MTC-00020200
Talen, Mauro | 0001 | MTC-00011228
Talk, Chuck | 0001 | MTC-00003052
Tallman, Judy | 0001 | MTC-00008390
Tally, Trevor | 0001 | MTC-00001273
Talmadge, Fred | 0001 | MTC-00021444
Tam, K.B. | 0002 | MTC-00014817
Tam, Kim | 0001 | MTC-00005657
Tamm, Ryan | 0001 | MTC-00031783
tamsky, Marc A. | 0002 | MTC-00018828
Tan, Song | 0002 | MTC-00027098
Tanboy, Jonathan | 0001 | MTC-00032404
Tancredi, Bob | 0002 | MTC-00020687
Tandstad, Jens | 0001 | MTC-00010714
tandvl | 0001 | MTC-00025198
Taney, Marie | 0001 | MTC-00025902
Tangredi, Timothy | 0002 | MTC-00005457
Taniwaki, George | 0001 | MTC-00031112
Tanne, James | 0001 | MTC-00008339
Tanne, James | 0001 | MTC-00020009
Tanner, Bill | 0001 | MTC-00011128
Tanner, Bob | 0001 | MTC-00004003
Tanschaffler@ aol.com | 0001 | MTC-00014747
Tansky, Ronald | 0001 | MTC-00017019
Tanuj, T. | 0001 | MTC-00029285
Taplin, Seth | 0001 | MTC-00024214
Tappan, Jonathan | 0001 | MTC-00015765
Tarabella, Bob | 0001 | MTC-00013433
Tarantino, Paul S. | 0002 | MTC-00001609
Tarbell, Stacey | 0002 | MTC-00004790
Tarbox, Jonathan | 0001 | MTC-00009162
Tardif, Laurent | 0002 | MTC-00012007
Taris, Evelyn | 0001 | MTC-00006314
Tarlow, Doug | 0001 | MTC-00002703
Tarrier, Brenan | 0001 | MTC-00020919
Tarrish, Sonia | 0001 | MTC-00030186
Tarsha, Joe | 0002 | MTC-00003345
tarsky, Daniel | 0001 | MTC-00019641
Tartaglia, Joseph | 0001 | MTC-00029984
Tashbook, Michael | 0002 | MTC-00017845
Tashiro-Choi, Suzana | 0002 | MTC-00030716
Tasker, Douglas | 0001 | MTC-00012605
Tasman, Mitchell | 0002 | MTC-00019949
Tate, Mahlon | 0001 | MTC-00009109
Tate, Nancy S. | 0002 | MTC-00009566
Tate, Philip | 0001 | MTC-00000675
Tatum, Linda | 0001 | MTC-00030853
Tauassoline, H. | 0001 | MTC-00009024
Tauro, Richard | 0001 | MTC-00002511
Taute, Kevin R. | 0001 | MTC-00015608
Taylor, Alan | 0001 | MTC-00013848
Taylor, Calvin | 0001 | MTC-00017956
Taylor, Cam | 0001 | MTC-00026064
Taylor, Cam | 0001 | MTC-00005798
Taylor, Carole | 0001 | MTC-00012032
Taylor, Debra | 0002 | MTC-00000703
Taylor, Ian | 0001 | MTC-00011629
Taylor, Ian Lance | 0001 | MTC-00011630
Taylor, James F. | 0002 | MTC-00033690
Taylor, Jonathan | 0001 | MTC-00013907
Taylor, Lester & Pamela | 0001 | MTC-00030189
Taylor, Lynwood | 0001 | MTC-00031457
Taylor, Mark | 0001 | MTC-00006250
Taylor, Marlene | 0007 | MTC-00029988
Taylor, Paul | 0001 | MTC-00000768
Taylor, R. | 0001 | MTC-00003679
Taylor, Rodney | 0001 | MTC-00030324
Taylor, Sam | 0001 | MTC-00002816
Taylor, Scott R. | 0001 | MTC-00004053
Taylor, Suzanne | 0002 | MTC-00026869
Taylor, Warren F. | 0002 | MTC-00004322
Taylor, Wesley | 0002 | MTC-00026026
Taylor, William | 0001 | MTC-00000291
Tayyeb, Arshad | 0001 | MTC-00023246
tbe@ ingeroll.com | 0001 | MTC-00028144
TC | 0001 | MTC-00018442
tcrech@ juno.com | 0001 | MTC-00028370
Teague, Melanie | 0001 | MTC-00033864
Teague, Shawn | 0001 | MTC-00016470
tebishop@ pplweb.com | 0001 | MTC-00000454
Techentin, Robert W. | 0001 | MTC-00023770
Technomage | 0001 | MTC-00019874
Tedd, Kelley G. | 0001 | MTC-00004272
Tedrick, James | 0001 | MTC-00015077
Teese, Bob | 0001 | MTC-00002155
Teger, John | 0002 | MTC-00009446
Teggut, John | 0002 | MTC-00024385
TEHSHEEL@ aol.com | 0001 | MTC-00005680
Teisan, George | 0001 | MTC-00006064
Teisch, Robert | 0001 | MTC-00007118
Telasha, David P. | 0001 | MTC-00025537
Telfer, Christopher | 0001 | MTC-00018829
Telford, Daniel | 0001 | MTC-00005210
Teliatnikov, Ivan | 0001 | MTC-00003765
Telling, Harry Bart | 0001 | MTC-00018830
Tello, Victor | 0001 | MTC-00029242
Temeles, POenny | 0001 | MTC-00031120
Temmink, Rik | 0001 | MTC-00006663
Tempas, Jeff | 0001 | MTC-00004206
Tempel, Bob | 0001 | MTC-00008203
Templeton, Brian | 0001 | MTC-00016577
Tempus, Praedor | 0001 | MTC-00012831
TenBrook, Warren | 0001 | MTC-00023907
Tennent, Mark | 0001 | MTC-00004443
Tepper, Steve | 0003 | MTC-00020390
Teran, Oskar | 0001 | MTC-00017977
Terborg, Doulas | 0001 | MTC-00020010
Terebecki, Steve | 0002 | MTC-00032037
Termini, Tom | 0001 | MTC-00016983
Terpening, Gerard | 0001 | MTC-00010510
Terrell, Rob | 0001 | MTC-00027567
Terry, Charles W. | 0001 | MTC-00007862
Terry, Kelley | 0001 | MTC-00026594
Tersteeg, Charles R. | 0001 | MTC-00015133
terwin1@ juno.com | 0001 | MTC-00021999
Teryl, Paul F. | 0001 | MTC-00005615
Tesch, Michael | 0001 | MTC-00018285
Tessner, Ingeborg | 0001 | MTC-00007934
Testa, Anthony | 0001 | MTC-00000613
Testa, Anthony | 0001 | MTC-00008467
Testa, Tom | 0001 | MTC-00015194
Tester, Brian | 0001 | MTC-00001569
Testerman, Joe | 0002 | MTC-00008574
Teter, Dixon | 0001 | MTC-00008316
Tetlow, Gordon | 0001 | MTC-00017115
Tetrice, Scott | 0001 | MTC-00016832
Teurfs, Roger | 0001 | MTC-00031076
Texidor, Dora | 0002 | MTC-00031591
Texpop@ aol.com | 0001 | MTC-00006140
Thacker, Bill | 0001 | MTC-00006054
Thacker, Robert W. | 0001 | MTC-00011966
Thakortarv@ aol.com | 0001 | MTC-00007703
Thale, Jim S. | 0001 | MTC-00013574
Thameo, James | 0001 | MTC-00022481
Tharp, David | 0001 | MTC-00013412
Thatcher, Conley S. | 0001 | MTC-00011443
Thatcher, Scott | 0001 | MTC-00018404
The Amazing Llama | 0002 | MTC-00033687
The Doctor What | 0001 | MTC-00015800
The Dogs of War | 0001 | MTC-00015912
The Intinidator | 0001 | MTC-00007216
The Keating Family | 0002 | MTC-00024937
THe Petzall's | 0001 | MTC-00007626
theblackotter | 0001 | MTC-00025186
Thedford, Tony | 0001 | MTC-00002716
Thedy, Joyce | 0001 | MTC-00029620
Theisen, Rose and Charles | 0001 | MTC-00023539
Thelen, Lance | 0001 | MTC-00031996
Then, Edwison | 0001 | MTC-00014828
Theniault, Louis | 0001 | MTC-00029641
Theoret, Guillaume | 0001 | MTC-00015313
thepommo@ aol.com | 0001 | MTC-00009209
Theriault, Joe | 0001 | MTC-00020080
Thernes, Keith | 0009 | MTC-00016439
Thibault, Steven | 0001 | MTC-00015162
Thids, Carlton | 0003 | MTC-00026930
Thieke, Robert | 0001 | MTC-00015970
Thiel, Dianna | 0001 | MTC-00032051
Thieme, David | 0003 | MTC-00010728
Thien, Glae | 0001 | MTC-00014060
Thode, Henry | 0002 | MTC-00033589
Thoennes, Mark | 0001 | MTC-00002563
Tholfsen, Paul | 0002 | MTC-00008932
Thomas, Ben | 0001 | MTC-00020889
Thomas, Benjamin B. | 0002 | MTC-00028837
Thomas, Blake Wesley | 0001 | MTC-00018812
Thomas, Darin | 0001 | MTC-00017913
Thomas, Dave | 0001 | MTC-00031925
Thomas, David | 0001 | MTC-00031995
Thomas, Freddy | 0002 | MTC-00027959
Thomas, George | 0001 | MTC-00005838
Thomas, Gerald G. | 0001 | MTC-00010648
Thomas, J.T. | 0001 | MTC-00024696
Thomas, Jason | 0004 | MTC-00025113
Thomas, Joe and Lynne | 0001 | MTC-00012581
Thomas, John | 0002 | MTC-00026979
Thomas, Julian | 0001 | MTC-00018491
Thomas, Justin | 0002 | MTC-00012897
Thomas, Lincoln | 0001 | MTC-00027329
Thomas, Micahel C. | 0001 | MTC-00025590
Thomas, Michael J. | 0002 | MTC-00024513
Thomas, Myron | 0002 | MTC-00024081
Thomas, Norm | 0001 | MTC-00008176
Thomas, Ralph S. | 0001 | MTC-00016105
Thomas, Stephen | 0001 | MTC-00001979
Thomas, Stu | 0001 | MTC-00005096
Thomas, Stuart P. | 0001 | MTC-00016364
Thomas, Stuart P. | 0001 | MTC-00003905
Thomas, Tim | 0001 | MTC-00025761
Thomas, W. | 0001 | MTC-00030619
Thomas, W. J. | 0001 | MTC-00030876
thomas.desmond@ usa.xeros.com | 0001 | MTC-00021975
thomasnbrooks@ hotmail.com | 0001 | MTC-00017327
Thomason, Warren | 0001 | MTC-00016822
Thomassen, Norm | 0001 | MTC-00006331
Thome, Michael | 0001 | MTC-00015278
Thompson, Alan | 0001 | MTC-00028490
Thompson, Andrew | 0001 | MTC-00006923
Thompson, Arthur | 0001 | MTC-00007583
Thompson, Barbara | 0001 | MTC-00031386
Thompson, Bill | 0001 | MTC-00018735
Thompson, Clayton K. | 0001 | MTC-00005610
Thompson, Cole D. | 0001 | MTC-00033820
Thompson, David | 0001 | MTC-00005013
Thompson, David | 0001 | MTC-00031522
Thompson, Dennis | 0001 | MTC-00019561
Thompson, Don | 0001 | MTC-00005898
Thompson, Gerald | 0001 | MTC-00004248
Thompson, Haley | 0001 | MTC-00019805
Thompson, Ivan | 0001 | MTC-00021863
Thompson, James | 0001 | MTC-00009457
Thompson, Jean | 0001 | MTC-00008206
Thompson, Jon | 0002 | MTC-00010300
Thompson, Juelle | 0001 | MTC-00008319
THompson, Karen | 0001 | MTC-00024955
Thompson, Kate | 0001 | MTC-00026759
Thompson, Larry | 0001 | MTC-00006245
Thompson, Larry | 0001 | MTC-00011458
Thompson, Les | 0001 | MTC-00032406
Thompson, Marcia Pena | 0001 | MTC-00013530
Thompson, Margie | 0001 | MTC-00005862
Thompson, Michael | 0001 | MTC-00013432
Thompson, Michael T. | 0002 | MTC-00013768
Thompson, Mike | 0001 | MTC-00017801
Thompson, Patrice | 0001 | MTC-00000772
Thompson, Peter L. | 0001 | MTC-00022556
Thompson, Rick | 0001 | MTC-00019643
Thompson, Robert | 0001 | MTC-00007199
Thompson, Scott | 0001 | MTC-00023170
Thompson, Steve | 0002 | MTC-00002489
Thompson, Steven | 0001 | MTC-00000691
Thompson, Will | 0002 | MTC-00031951
Thomsen, Alexander and Florence | 0001 | MTC-00008616
Thomser, Roy A. | 0001 | MTC-00007940
Thomson, Bill | 0002 | MTC-00009748
Thomson, Dana | 0001 | MTC-00014346
Thon, Steven G. | 0001 | MTC-00027446
Thorbz@ aol.com | 0001 | MTC-00005892
Thorn, Bill | 0001 | MTC-00016458
Thorn, Dale | 0001 | MTC-00019439
Thornburg, Robert | 0001 | MTC-00015687
Thorne, David | 0001 | MTC-00014616
Thorne, Mark | 0001 | MTC-00007817
Thorne, Miste | 0006 | MTC-00028372
Thorns, Jeffrey | 0001 | MTC-00003711
Thornton, Deano | 0002 | MTC-00029907
Thornton, Elaine | 0001 | MTC-00031801
Thornton, Kirby | 0002 | MTC-00028864
Thornton, Rod | 0001 | MTC-00031306
Thornton, Thomas and Beverly | 0001 | MTC-00014728
Thorpe, James A. | 0001 | MTC-00023333
Thorteran, Erik | 0001 | MTC-00014253
Thorup, Paul C. | 0002 | MTC-00030084
Thorup, Suzanne F. | 0002 | MTC-00030068
Thrasher, David | 0002 | MTC-00033648
Threatte, Allen | 0001 | MTC-00025907
Throneberry, Lisa | 0001 | MTC-00028268
Thumen, Lorenzo | 0001 | MTC-00028547
Thurlow, David | 0001 | MTC-00012008
Thurlow, John | 0002 | MTC-00029407
Thurman, Karen | 0001 | MTC-00028412
Thurman, Travis | 0002 | MTC-00028404
Thurmond, Marvin | 0001 | MTC-00007707
Thurmond, Patrick | 0001 | MTC-00004392
Thurmond, Patrick | 0001 | MTC-00023064
Thurnau, Bryan | 0001 | MTC-00004324
Thurston, Douglas L. | 0002 | MTC-00031484
Thurston, Dylan | 0002 | MTC-00027000
Thutt, Paul | 0002 | MTC-00033673
Tibor, Jerry | 0002 | MTC-00001009
Tickton, Stanley | 0001 | MTC-00002607
Tidball, Tony | 0001 | MTC-00005979
Tidd, Richard | 0001 | MTC-00018524
Tidwell, Dean | 0001 | MTC-00003196
Tiede, John | 0002 | MTC-00022298
Tiede, John W. | 0002 | MTC-00031980
Tien, Allen | 0004 | MTC-00026909
Tiernan, Jim | 0001 | MTC-00006522
Tierney, Andrew | 0001 | MTC-00018598
Tietjens, Richard | 0001 | MTC-00019297
Tietsort, Jeremy | 0001 | MTC-00017488
Tighe, Bryan | 0002 | MTC-00026003
Tignanelli, Andrew | 0001 | MTC-00006247
Tilden, Doug | 0001 | MTC-00007170
Till, Milton | 0001 | MTC-00005396
Tilleman, Don | 0001 | MTC-00000398
Tillerson, Agnes | 0001 | MTC-00002751
Tillerson, Agnes and Leonard | 0001 | MTC-00010150
Tilles, Lois | 0001 | MTC-00007855
Tilles, Lois | 0001 | MTC-00011502
Tilley, Matthew | 0001 | MTC-00031468
Tilley, R. Bradley | 0001 | MTC-00024039
Tillman, Don | 0002 | MTC-00001409
Tilton, William T. | 0002 | MTC-00020129
Tilwalli, Nikkil | 0002 | MTC-00016984
Tim | 0001 | MTC-00010328
Tim | 0002 | MTC-00019662
Timberlake, Bruce | 0002 | MTC-00031858
Timdale, Lu | 0001 | MTC-00002629
timewarpp@ earthlink.net | 0001 | MTC-00006447
Timo, Henry | 0001 | MTC-00018864
Tingery, Allan | 0001 | MTC-00008274
Tinker, George | 0001 | MTC-00006799
Tinsley, Jim | 0001 | MTC-00005802
Tisch, Tom | 0001 | MTC-00028887
Tisdale, Michael | 0002 | MTC-00017085
Tishler, Gary | 0001 | MTC-00031525
Tittsworth, Clint | 0001 | MTC-00020812
Titus, Jason | 0001 | MTC-00015312
Titus, Joan B. | 0002 | MTC-00023276
Tkach, John R. | 0001 | MTC-00007429
TMAC | 0001 | MTC-00003981
TMB999@ aol.com | 0001 | MTC-00007666
Tnong, Martin | 0001 | MTC-00001967
TNsig@ aol.com | 0001 | MTC-00008232
Tober, Bradley K. | 0001 | MTC-00023232
Tobias, Keith | 0001 | MTC-00005876
Tobin, Frank | 0001 | MTC-00018871
Toboloski, J. | 0001 | MTC-00007243
Toby | 0001 | MTC-00017971
Toczek, Matthew | 0001 | MTC-00004716
Todd | 0001 | MTC-00015697
Todd, Carol J. | 0001 | MTC-00006583
Todd, David | 0001 | MTC-00001345
Todd, Ginger | 0001 | MTC-00030459
Tofslie, Wayne | 0001 | MTC-00027105
Tognetti, Ronald | 0001 | MTC-00009977
Tolan, Esther | 0001 | MTC-00007352
Tolland, A.J. | 0001 | MTC-00016723
Tollefsen, John J. | 0001 | MTC-00001176
Tolleson, Robert | 0001 | MTC-00008020
Tollofson, Jim | 0001 | MTC-00020086
Tolman, Calvin | 0002 | MTC-00027575
Tolson, Jonathan | 0001 | MTC-00025237
Tom | 0001 | MTC-00001316
Tom | 0001 | MTC-00024158
Tom T. | 0001 | MTC-00022438
Tom, Betsy | 0001 | MTC-00023511
tom@ wtg.usdoj.gov, Hull, Tom | 0007 | MTC-00027530
Tomaszek, Katherine | 0002 | MTC-00031718
Tomlinson, Linda | 0001 | MTC-00031017
Tomori, Paul | 0002 | MTC-00025218
Tompkins, Eric | 0001 | MTC-00016917
Tompkins, Jerry | 0001 | MTC-00018734
Tompkins, Jerry W. | 0002 | MTC-00001234
Tomsevics, Ilze | 0001 | MTC-00007102
Tomson, Phil | 0002 | MTC-00024822
Tonkin, Bill | 0001 | MTC-00017490
Tonkin, E. | 0002 | MTC-00021046
Tonn, Randell E. | 0001 | MTC-00021688
Tonseth, Wiliam | 0001 | MTC-00019378
Tony | 0001 | MTC-00001964
Tony | 0001 | MTC-00006224
Toohey, Michael S. | 0001 | MTC-00019140
Toole, James W. | 0001 | MTC-00005708
Tooley, Eric | 0001 | MTC-00024731
Topilow, Harvey W. | 0001 | MTC-00007667
Topilow, Harvey W. | 0001 | MTC-00025043
Topjian, Joe | 0001 | MTC-00015722
Toporek, Stan | 0001 | MTC-00003254
Torborg, Tadd | 0001 | MTC-00001758
Torgerson, Chris | 0001 | MTC-00023533
Torrence, John | 0002 | MTC-00024931
Torres, Juan C. | 0001 | MTC-00023794
Toscano, Sergio | 0001 | MTC-00031467
Toth, Juan Carlos | 0001 | MTC-00019577
Toth, Laszlo | 0001 | MTC-00019984
Toth, Steve | 0001 | MTC-00003969
Totic, Aleks | 0003 | MTC-00029290
Totten, David Laura | 0001 | MTC-00017389
Tovar, Carole | 0001 | MTC-00030456
Tow, Steve | 0002 | MTC-00018499
Towne, Dennis | 0001 | MTC-00003864
Towns, Darryl C. | 0001 | MTC-00030411
Townsend Phinn | 0001 | MTC-00005906
Townsend, Andrew | 0001 | MTC-00003975
Townsend, Lawrence G. | 0004 | MTC-00031187
Townsend, Michael | 0001 | MTC-00016474
Townsend, Polly J. | 0001 | MTC-00020540
Townsend, Raymond | 0001 | MTC-00000402
Townsend, Steve | 0001 | MTC-00029259
Towson, Joe | 0001 | MTC-00031404
Toycop | 0002 | MTC-00024135
TPapandrea@ aol.com | 0001 | MTC-00007104
Traber, John E. | 0001 | MTC-00006564
Traber, Marilyn | 0001 | MTC-00002922
Tracey, Dominic P. | 0001 | MTC-00000386
Tracy, James | 0001 | MTC-00027441
Tracy, Kevin | 0001 | MTC-00005094
Tracy, Whitney A. | 0001 | MTC-00025295
Trageser, James | 0002 | MTC-00009888
Trahar, B.J. | 0001 | MTC-00009963
Tram, Jared | 0001 | MTC-00014434
Tramonte, Marc | 0001 | MTC-00024962
Trandum, Dan | 0001 | MTC-00031106
Transue, John | 0001 | MTC-00028375
Trantham, Richard L. | 0001 | MTC-00029201
Tranthan, Debra K. | 0001 | MTC-00029170
Trapane, Sam | 0001 | MTC-00001335
Trapp, Orlinn | 0001 | MTC-00026082
Trasport, Carol | 0001 | MTC-00031736
Traub, Joseph L. | 0001 | MTC-00018216
Traux, Bruce | 0002 | MTC-00010133
Traver, John | 0001 | MTC-00016965
Travis, Adrian | 0001 | MTC-00014797
Travis, Richard | 0002 | MTC-00033664
Travis, Sam | 0001 | MTC-00011340
Traynor, Scott | 0001 | MTC-00014886
Treacy, Tricia | 0001 | MTC-00009806
Treadway, Nathan | 0001 | MTC-00027844
Treadwell, Charles | 0001 | MTC-00006809
Treadwell, Russell P. | 0001 | MTC-00029582
Treder, Thomas | 0001 | MTC-00028747
Treeck, George Van | 0002 | MTC-00028733
Tremblay, Mark | 0001 | MTC-00023068
Trenka, Ron | 0003 | MTC-00018445
Trenkmann, Rick | 0001 | MTC-00005978
Trent Larson | 0001 | MTC-00019720
Trent, Benjamin | 0001 | MTC-00016104
Trent, Rod | 0002 | MTC-00011565
Trentham, Allen | 0001 | MTC-00000889
Trepp, Sylvia J. | 0001 | MTC-00009110
Trevathan, Ben | 0002 | MTC-00011592
Treviho, Audrey | 0001 | MTC-00019449
Trevino, Alberto | 0002 | MTC-00024164
Trevino, Dan | 0001 | MTC-00014808
Trexler, Jim | 0001 | MTC-00000426
Treyes, Carlos | 0001 | MTC-00007100
Tribble, Deborah | 0001 | MTC-00021593
Tricen, Tim | 0001 | MTC-00003792
Triche, Tim | 0002 | MTC-00015499
Trimble, Ralph | 0001 | MTC-00011777
Trimble, William | 0001 | MTC-00000382
Trimm, David | 0002 | MTC-00014254
Trimmel, John and Bey | 0001 | MTC-00029795
Trinko | 0001 | MTC-00001344
Trinko, Tom | 0002 | MTC-00018707
Tripp, Jason A. | 0001 | MTC-00026173
Tripp, Randy | 0001 | MTC-00013810
Tripper, Michael | 0001 | MTC-00019888
Troceen, Dan | 0001 | MTC-00008150
Troendle, E.L, | 0001 | MTC-00031475
Trombettas, Victor | 0002 | MTC-00021534
Tropiano, Debbie | 0001 | MTC-00010450
Trosher, Michelle | 0001 | MTC-00027402
Trosie, John C. | 0001 | MTC-00013924
Trosko, Brian | 0001 | MTC-00019368
Trotman, Jeff | 0001 | MTC-00031693
Trotter, Scott | 0001 | MTC-00019012
Trotter, Scott | 0001 | MTC-00022117
Trowbridge, C. Pfeiffer | 0001 | MTC-00013448
Trowbridge, Lynn | 0002 | MTC-00026056
Trower, Douglas | 0002 | MTC-00031047
Troy, Austin | 0001 | MTC-00012850
Troy, Les | 0001 | MTC-00008659
Troyer, Steve | 0001 | MTC-00021136
Trudell, Daniel | 0001 | MTC-00017624
True, Phil | 0001 | MTC-00017725
Truemann, William | 0001 | MTC-00027913
Truesdale, Ben | 0001 | MTC-00018792
Trujillo, Robert | 0003 | MTC-00031365
Trulssen, Nils | 0001 | MTC-00028468
Truman, Roy E. | 0001 | MTC-00006059
Trumbell, Matthew | 0001 | MTC-00022591
Trussen, Cookie | 0002 | MTC-00028475
Tryon, Charles | 0001 | MTC-00024392
Tsang, Chase | 0001 | MTC-00020449
Tsc, Stephen | 0001 | MTC-00016035
tschazleton.net | 0001 | MTC-00016033
Tso, YeeJee | 0001 | MTC-00030820
Tsung, Lita | 0001 | MTC-00031312
Tualla, Doray | 0002 | MTC-00028448
Tualla, Eduardo | 0002 | MTC-00028419
Tubbs, Matthew | 0001 | MTC-00027052
Tuck, Hal | 0002 | MTC-00026867
Tuck, Harold | 0002 | MTC-00026877
Tuck, Nat | 0001 | MTC-00019406
Tuck, Russ | 0001 | MTC-00026653
Tuck, Timothy | 0001 | MTC-00019812
Tucker, Barry | 0001 | MTC-00009834
Tucker, Charlie | 0001 | MTC-00029751
Tucker, David | 0001 | MTC-00010105
Tucker, Dr. | 0001 | MTC-00006516
Tucker, George | 0001 | MTC-00017350
Tucker, Jay | 0001 | MTC-00011447
Tucker, Jimmy W. | 0001 | MTC-00027213
Tucker, Kris | 0001 | MTC-00019212
Tucker, Ueli | 0001 | MTC-00005722
Tullo, Patrick | 0001 | MTC-00013900
Tully, Thomas | 0002 | MTC-00033651
Tulsian, Neeray | 0002 | MTC-00015664
Tumer, Kristen | 0001 | MTC-00007599
Tummerman, Gerjan | 0001 | MTC-00020552
Tumuluri, Suny S. | 0001 | MTC-00029626
Tune, Eric | 0001 | MTC-00019037
Tunis, George C. | 0001 | MTC-00006619
Turcott, Jim | 0001 | MTC-00006527
Turetzky, Adam A. | 0001 | MTC-00018763
Turk, Richard | 0001 | MTC-00017535
Turkel, Mark | 0002 | MTC-00025188
Turnblade, David | 0001 | MTC-00022746
Turnbow, Bo | 0001 | MTC-00003899
Turnbull, D.L. | 0001 | MTC-00006578
Turner, Albert | 0001 | MTC-00021871
Turner, Bill | 0007 | MTC-00009258
Turner, Christian | 0002 | MTC-00018513
Turner, Debbie G. | 0001 | MTC-00010083
Turner, Doug | 0001 | MTC-00015569
Turner, Hanneli | 0001 | MTC-00024846
Turner, Hanneli | 0001 | MTC-00025582
Turner, Joanne | 0002 | MTC-00027809
Turner, John | 0001 | MTC-00019321
Turner, Karl | 0001 | MTC-00030332
Turner, Nancy Parkes | 0001 | MTC-00001066
Turner, Paul | 0001 | MTC-00031512
Turner, Scott | 0001 | MTC-00001415
Turner, Scott | 0001 | MTC-00019574
Turner, Sean | 0002 | MTC-00027448
Turner, William | 0002 | MTC-00016120
Turniman, Philip | 0001 | MTC-00009585
Turovich, L. Frank | 0002 | MTC-00025914
Turra, Mario | 0002 | MTC-00026004
Turyn, Michael | 0001 | MTC-00017149
Tuttle, Thomas | 0002 | MTC-00033574
Tuukka | 0001 | MTC-00004400
Tuzin, Bohdan | 0001 | MTC-00025709
Tuziw, Myroslawa | 0001 | MTC-00025719
TXBILL37@ aol.com | 0001 | MTC-00006312
Tyler, Kent G. | 0001 | MTC-00006481
Tyler, Mose | 0001 | MTC-00027424
tylerb@ mac.com | 0002 | MTC-00029341
Tyndale, Paula | 0001 | MTC-00025968
Tyndall, Steve | 0001 | MTC-00029667
Tynes, Wayne | 0001 | MTC-00009856
Tyree, David | 0001 | MTC-00003636
Tyrer, James Richard | 0006 | MTC-00004328
Tyson, Joann | 0001 | MTC-00031605
tzl@ mac.com | 0002 | MTC-00001638
UAsco, John | 0001 | MTC-00031827
Uckun, Tim | 0001 | MTC-00023970
Uebe, Joanne | 0001 | MTC-00006462
Uecker, Brian | 0001 | MTC-00004777
Uhl, Bruce H. | 0001 | MTC-00009501
Uhler, Lewis K. | 0001 | MTC-00031316
ulakken, Nikil | 0001 | MTC-00009642
Ulbricht, Edgar K. | 0001 | MTC-00021112
Ulland, Kevin | 0001 | MTC-00000115
Ulland, Kevin | 0002 | MTC-00010809
Ullman, Bubby | 0001 | MTC-00015295
Ullman, James Mitchell | 0001 | MTC-00000198
Ulmer, Bob | 0001 | MTC-00004165
Ulmer, Bob | 0001 | MTC-00006495
Ulmer, Bob | 0001 | MTC-00022736
Ulrich, Arthur | 0001 | MTC-00002320
Ulrich, J. Scott | 0002 | MTC-00031036
Ulrich, Tom | 0003 | MTC-00028357
Ulskey, Joy | 0001 | MTC-00011924
Ultis, Jonathan | 0001 | MTC-00018511
Umbaugh, Bruce | 0003 | MTC-00028854
Umbright, George | 0001 | MTC-00006914
Unangst, Ron | 0001 | MTC-00008615
Underwood, Geff | 0001 | MTC-00018112
Underwood, Ryan | 0001 | MTC-00019049
Underwood, Theresa | 0001 | MTC-00033861
Underwood, William | 0001 | MTC-00026429
Unger, Guinn | 0001 | MTC-00027811
Unger, Janet | 0001 | MTC-00033797
Unger, Michael A. | 0001 | MTC-00014129
Unger, Sherrie A. | 0002 | MTC-00027097
Unison, Paul | 0001 | MTC-00015210
Unkroth, Kay | 0001 | MTC-00030483
Unrein, Annette | 0001 | MTC-00011684
Upham, William | 0001 | MTC-00008957
Upper, Daniel | 0002 | MTC-00027603
Uppling, Warren | 0001 | MTC-00006749
Upstone, Velora | 0001 | MTC-00006338
Upstone, Verlora | 0002 | MTC-00028970
Urb's Mail 1 | 0001 | MTC-00020102
Urbain, Aaron | 0001 | MTC-00002772
Urbaniak, John J. | 0003 | MTC-00010199
Urbanik, Nick | 0001 | MTC-00010697
Ure, David | 0001 | MTC-00010067
Uriarte, Vincent | 0001 | MTC-00031594
Urie, James | 0001 | MTC-00009878
Urness, Merton | 0001 | MTC-00007524
Urness, Merton, L. | 0001 | MTC-00013129
Urry, David | 0001 | MTC-00000676
User, Debian | 0001 | MTC-00017042
user@ openai.net | 0001 | MTC-00011750
Usim, William | 0001 | MTC-00033544
Utecht, Daniel | 0001 | MTC-00015208
Utlak, Bill | 0001 | MTC-00011210
UWISSHH@ aol.com | 0001 | MTC-00006797
Uzar, karl | 0002 | MTC-00019613
V | 0001 | MTC-00024869
Vagelsong, Chad | 0001 | MTC-00019991
Vail, Doris and John | 0001 | MTC-00021824
Vail, Eric S. | 0001 | MTC-00031959
Vakulskas, Barbara M. | 0001 | MTC-00031426
Valandra, Paul | 0001 | MTC-00029905
Valcarce, Marcel | 0001 | MTC-00019506
Valdes, Ignacio | 0001 | MTC-00000420
Valeke, Dirk | 0001 | MTC-00028095
Valentine, Anthony | 0002 | MTC-00017593
Valentine, Colin | 0001 | MTC-00033808
Valentine, Joe | 0001 | MTC-00003291
valentine, Russell | 0001 | MTC-00016592
Valenzuela, Ernesto | 0001 | MTC-00002790
Valerio, Thomas J. | 0002 | MTC-00027460
Valkaas, Andrew | 0002 | MTC-00027345
Valkanas, Andrew | 0002 | MTC-00033528
Vallance, John E. | 0001 | MTC-00008655
Valleroy, Jean | 0001 | MTC-00008894
valleybill@ hotmail.com | 0001 | MTC-00028079
Valsamakis, Helen | 0001 | MTC-00032019
Valusek, Rick | 0001 | MTC-00009385
Vamos-Wentworth, Rossz | 0001 | MTC-00017387
Vampotic, Patricia | 0002 | MTC-00024853
Van Asselt, Tim | 0001 | MTC-00000626
Van Benschoten, Erik | 0001 | MTC-00017968
Van Brunt, David L. | 0001 | MTC-00001202
Van Cleve, Jason A. | 0001 | MTC-00003110
Van Cura, Richard | 0001 | MTC-00004606
Van Curen, Nathan S. | 0001 | MTC-00000309
Van de Ven, David | 0001 | MTC-00015029
Van Den Bergh, Guy | 0001 | MTC-00015031
Van Der Burg, H.W. | 0001 | MTC-00024999
Van Der Holst, John W. | 0001 | MTC-00012035
Van Der Linden, Peter | 0001 | MTC-00030632
Van der Welt, Charles F. | 0001 | MTC-00019228
Van Deursen, Hugh | 0003 | MTC-00013200
Van Doren, Jonathan | 0001 | MTC-00026029
Van Fleet, Dan | 0001 | MTC-00007904
Van Fleet, Dan | 0001 | MTC-00008722
Van Hemel, Wonter | 0001 | MTC-00017111
Van Meter, A.P. | 0001 | MTC-00031981
Van Meter, Dale | 0001 | MTC-00029889
Van Noord, Paul | 0001 | MTC-00004528
Van Schie, Leon | 0001 | MTC-00008851
Van Tuyl, George | 0001 | MTC-00004123
Van Veelen, Jeremy | 0001 | MTC-00016621
Van Winkle, Kim | 0001 | MTC-00007569
Van Wyk, Andre | 0001 | MTC-00007476
Van, Cleve, Jason | 0001 | MTC-00023871
Van, Van | 0001 | MTC-00033498
VanAlstine, James | 0001 | MTC-00028029
VanAsselt, Tim | 0001 | MTC-00032264
VanBeuzekom, Edwin | 0001 | MTC-00028380
VanBlokland, Kelly | 0001 | MTC-00008534
VanBrocklin, Jim | 0001 | MTC-00016593
Vance, LArry | 0001 | MTC-00032259
Vance, Richard | 0002 | MTC-00001082
Vance, Tim | 0001 | MTC-00030765
VanDahm, Stephen C. | 0001 | MTC-00015413
Vande Bogart, Florence A. | 0001 | MTC-00014147
Vandellos, Michael | 0001 | MTC-00025580
Vandenbury, Gary L. | 0001 | MTC-00024956
Vander Werff, Eric | 0001 | MTC-00022494
VanderMeulen, Ryan | 0001 | MTC-00024515
Vandern Bout, Geoff | 0001 | MTC-00024165
Vanderpool, Ruth | 0001 | MTC-00026138
VanderPyle, Nicholas | 0001 | MTC-00006055
Vanderwalker, Earl | 0001 | MTC-00007006
Vanderzanden, Ryan | 0002 | MTC-00003662
vandewater@ infowest.com | 0001 | MTC-00010443
VanEynde, Noel | 0001 | MTC-00025727
Vang, Fong | 0001 | MTC-00018918
VanHouten, James F. | 0001 | MTC-00021670
VanMeter, Lauren | 0001 | MTC-00029887
VanMeteren, Kristian | 0002 | MTC-00030821
VanNess, Evan | 0001 | MTC-00009935
VanOverstracten, Frank | 0001 | MTC-00030801
VanZandt, James R. | 0002 | MTC-00025596
VanZanten, John A. | 0001 | MTC-00015851
Varallo, J.T. | 0001 | MTC-00031939
Varano, Charles | 0001 | MTC-00025960
Varborough, Joe | 0002 | MTC-00014401
Varela, John | 0001 | MTC-00019625
Varga, Paul | 0001 | MTC-00015150
Varga, Paul | 0001 | MTC-00015157
Vargas, Chris | 0001 | MTC-00016175
Varghese@ emirates.net | 0001 | MTC-00003069
Vargo, Kevin | 0001 | MTC-00015122
Varlten, Peter | 0001 | MTC-00023091
Varner, John L. | 0002 | MTC-00010519
Varsel, Mark | 0001 | MTC-00025134
Vasko, Steve | 0001 | MTC-00003487
Vasuani, Girish | 0001 | MTC-00014735
Vath, Raymond | 0001 | MTC-00008802
Vaughan, Sean | 0002 | MTC-00017802
Vaught, Thomas | 0001 | MTC-00027822
Vawter, Antoinette W. | 0001 | MTC-00008214
vdrlholl@ westnetay01. boulder.bm.com | 0001 | MTC-00028216
Veditz, Dan | 0001 | MTC-00027431
Veenker, Gerald | 0001 | MTC-00006207
Veenstra, Robert | 0001 | MTC-00020568
Vega, Ben | 0001 | MTC-00005109
Vega, Ben | 0001 | MTC-00005113
Veit, Albert | 0001 | MTC-00031138
Velarde, Lynnie D. | 0002 | MTC-00028908
Velez, Karla | 0001 | MTC-00031963
Velleux, Keith | 0003 | MTC-00025818
Vemuri, K. Rao | 0001 | MTC-00004295
Venable, Peter | 0001 | MTC-00016433
Venale, Clark | 0001 | MTC-00023526
Venditti, Andrew | 0001 | MTC-00030813
Veneskey, Gwen L. | 0001 | MTC-00018003
Venet, Eric B. | 0003 | MTC-00026871
Venezia, Anthony | 0001 | MTC-00023508
Venezia, Joseph | 0001 | MTC-00003002
Venezia, Paul | 0001 | MTC-00004850
Venner, Charlotte | 0001 | MTC-00008878
Vensel, Mary | 0001 | MTC-00025867
Ventura, Scott | 0003 | MTC-00027817
Venzon-Landus, Edgor Patrick | 0004 | MTC-00026572
Verbick, Jim | 0002 | MTC-00032063
Verdier, Brice | 0001 | MTC-00016413
Verdon, Sharyn | 0001 | MTC-00005099
Vereb Rich | 0001 | MTC-00001238
Vered, Erik | 0001 | MTC-00018172
Veres, Leslie | 0001 | MTC-00007699
Verger, John | 0001 | MTC-00005262
Verguldi, Anthony | 0002 | MTC-00012560
Verhulst, Catherine | 0002 | MTC-00031413
Veritas123@ aol.com | 0001 | MTC-00028056
Vernon, Wes | 0001 | MTC-00028722
Verran, Matt | 0001 | MTC-00009207
Verstraete, Stephen | 0001 | MTC-00018151
Vertefeville, Dane | 0001 | MTC-00009720
Verywymerer | 0001 | MTC-00019225
Vesbek, Bob | 0001 | MTC-00026885
Vespa, A.A. | 0001 | MTC-00006371
Vesperman, Jenn | 0002 | MTC-00019693
Vess, Gavin | 0001 | MTC-00004156
Vessels, Terry | 0002 | MTC-00025701
Vessenes, Peter | 0002 | MTC-00017383
Vest, Shannon | 0001 | MTC-00025161
Vetter, Scott | 0003 | MTC-00005045
Vg, Lorenzo | 0002 | MTC-00004012
Viano, John E. | 0001 | MTC-00026021
Vicinanza, Gregg | 0001 | MTC-00028744
Vick@ adnc.com | 0001 | MTC-00026279
Vickers, Robert | 0001 | MTC-00013675
Viega, John | 0001 | MTC-00022106
Vieites, Pete | 0001 | MTC-00025128
Viesse, Angela | 0001 | MTC-00006037
Vietz, Virginia | 0001 | MTC-00008910
Vikram, S. | 0001 | MTC-00015621
Vilas, Michael | 0001 | MTC-00028746
Vilhuber, Jan | 0001 | MTC-00020331
Villalpando, Regina | 0001 | MTC-00004346
Villar, Ricardo | 0001 | MTC-00007840
Villarieal, Ramro | 0001 | MTC-00031221
Villavicenejo, Pedro | 0002 | MTC-00004261
Vilot, Tom | 0001 | MTC-00002654
Vincent, Francois | 0001 | MTC-00009698
Vincent, Janet K. | 0001 | MTC-00006099
Vincent, Robert | 0001 | MTC-00017769
Vincenti, Raphael | 0001 | MTC-00002836
Vinci, Bob | 0001 | MTC-00026040
Vinella, Gerald E. | 0001 | MTC-00010111
Vinson, Clay | 0001 | MTC-00005184
Vinson, Danny | 0001 | MTC-00028874
Vinton, Andrew | 0001 | MTC-00023715
Virijevich, Paul | 0002 | MTC-00013471
Virkler, Joshua | 0001 | MTC-00030989
Viscorte, Marc | 0001 | MTC-00020048
Visniewski, Patrick | 0001 | MTC-00018550
Vitello, Frank | 0003 | MTC-00010900
VJCapece4@ cs.com | 0001 | MTC-00007937
Vlahos, Bill | 0001 | MTC-00033350
Vogel, Alan | 0001 | MTC-00006383
Vogel, Alan | 0002 | MTC-00022732
Vogel, Carl M. | 0001 | MTC-00031354
Vogel, Karl | 0002 | MTC-00004591
Vogel, Les | 0002 | MTC-00002274
Vogel, Liz | 0001 | MTC-00017296
Vogel, Morton | 0001 | MTC-00007232
Vogt, Tim | 0001 | MTC-00017543
Voisine, Aaron | 0001 | MTC-00019420
Voland, Rick | 0004 | MTC-00029676
Voll, Jim | 0001 | MTC-00018478
Vollmer, Jay | 0002 | MTC-00003673
Volmer, Jonathan | 0001 | MTC-00015230
Volynets, Anatoly | 0002 | MTC-00009705
Volynets, Ilya | 0001 | MTC-00022825
Von Blanckensee, Peter | 0001 | MTC-00005917
Von Colln, Gary | 0002 | MTC-00019046
Von Dongen, Dirk | 0002 | MTC-00024881
Vonderscheer, Louis | 0001 | MTC-00004594
VonReis, Will | 0001 | MTC-00026714
Voorheis, Tom | 0001 | MTC-00026734
Voorhess, JAmes | 0001 | MTC-00024974
Vorck, Frederick | 0001 | MTC-00017411
Vore, Ty | 0001 | MTC-00008907
Vose, Marc Anthony | 0002 | MTC-00004397
Voss, Terry | 0001 | MTC-00005410
Vota, Jonathan | 0001 | MTC-00015654
Voudouris, Christopher | 0001 | MTC-00002354
Vreeland, Johnathan | 0001 | MTC-00027958
Vresilavic, John | 0001 | MTC-00013544
Vysotskiy | 0002 | MTC-00020306
Vysotskiy, Anton | 0002 | MTC-00022372
vze276e@ verizon.net | 0001 | MTC-00007863
W. D. | 0001 | MTC-00026167
Wachs, James S. | 0001 | MTC-00006255
Wachsman, David S. | 0001 | MTC-00006849
Wacker, C.L. | 0001 | MTC-00014441
Waddell, Jearl R. | 0001 | MTC-00008201
Waddell, Ken | 0002 | MTC-00031214
Waddell, William Joseph | 0002 | MTC-00003939
Wade, Lawrence | 0002 | MTC-00020221
Wade, Mitch | 0001 | MTC-00028811
Wadell, James S. | 0001 | MTC-00019292
Wadsworth, Jeremy | 0002 | MTC-00003626
Wadsworth, Karen | 0002 | MTC-00031729
Waentz, Jennifer | 0001 | MTC-00022369
Wagenseil, John | 0001 | MTC-00022600
Wages, Joseph | 0001 | MTC-00007935
Waggoner, Dave | 0001 | MTC-00000716
Wagman, Mike | 0001 | MTC-00001403
Wagner, Barbara and Ronald | 0001 | MTC-00008929
Wagner, Ben | 0001 | MTC-00013689
Wagner, Bill | 0003 | MTC-00010586
Wagner, Brenda | 0001 | MTC-00007816
Wagner, Delpha | 0001 | MTC-00008867
Wagner, Dorothy | 0001 | MTC-00009540
Wagner, George | 0001 | MTC-00010245
Wagner, George | 0001 | MTC-00019832
Wagner, George | 0001 | MTC-00001729
Wagner, Mark | 0003 | MTC-00016938
Wagner, Mark | 0001 | MTC-00025229
Wagner, Ralph | 0002 | MTC-00017715
Wagner, Steve | 0002 | MTC-00033603
Wagoner, Mark | 0001 | MTC-00030472
Wagoner, William G. | 0001 | MTC-00022581
Wagstaff, Lee | 0002 | MTC-00010701
Wagstaff, Lee | 0002 | MTC-00014376
Wahl, Bill | 0001 | MTC-00002940
Wahlin, Matthew W. | 0002 | MTC-00020019
Wahrer, Carol | 0001 | MTC-00018778
Wain, Donald B. | 0001 | MTC-00030175
Wainwright, Arthur D | 0001 | MTC-00030752
Wainwright, Will | 0001 | MTC-00015402
Waislorot, Nate | 0001 | MTC-00015607
Wakeland, Beverly | 0001 | MTC-00006268
Wakeland, Beverly | 0001 | MTC-00011818
Waker, Ray and Patricia | 0001 | MTC-00014742
Waldauer, Alex | 0003 | MTC-00020196
Walden, James W. | 0001 | MTC-00004338
Waldenberger, Dean | 0001 | MTC-00028947
Walder, John | 0001 | MTC-00032312
Waldman, Marian | 0002 | MTC-00003346
Waldman, Mark | 0002 | MTC-00002141
Walend, David | 0001 | MTC-00002948
Walertia, John | 0001 | MTC-00005566
Wales, Barbara M. | 0002 | MTC-00004298
Wales, Robert | 0001 | MTC-00003549
Waling, Richard | 0001 | MTC-00030152
Walken, Ron | 0001 | MTC-00011762
Walken, Ronald, D. | 0001 | MTC-00031989
Walker, Adam | 0001 | MTC-00000289
Walker, Adam | 0001 | MTC-00003206
Walker, Bryan | 0001 | MTC-00016051
Walker, C.L. | 0001 | MTC-00031654
Walker, Catherine Hamlin | 0001 | MTC-00029249
Walker, Charles | 0001 | MTC-00005482
Walker, Christian | 0001 | MTC-00018326
Walker, Cornelius | 0001 | MTC-00004331
Walker, Cyrus | 0001 | MTC-00026110
Walker, Daniel | 0002 | MTC-00014910
Walker, David | 0002 | MTC-00018160
Walker, David | 0002 | MTC-00018019
Walker, DAvid | 0001 | MTC-00025152
Walker, Doug | 0001 | MTC-00004659
Walker, Emile A. | 0001 | MTC-00001842
Walker, Guy | 0001 | MTC-00000484
Walker, Jason | 0002 | MTC-00028340
Walker, Jeremy | 0001 | MTC-00015872
Walker, Jerry | 0002 | MTC-00017107
Walker, John and Geraldine | 0001 | MTC-00029768
Walker, Joseph | 0001 | MTC-00030892
Walker, Kellene | 0001 | MTC-00029963
Walker, Lois Cowan | 0001 | MTC-00013606
Walker, Lynn | 0002 | MTC-00028741
Walker, Rob | 0001 | MTC-00030118
Walker, Sandy | 0001 | MTC-00025132
Walker, Scott | 0001 | MTC-00022894
Walker, Stephanie | 0001 | MTC-00023122
Walker, Stewart | 0001 | MTC-00021684
Wall, Craig | 0001 | MTC-00001963
Wall, Craig | 0001 | MTC-00013702
Wall, Dick | 0002 | MTC-00000714
Wall, J. | 0001 | MTC-00001370
Wall, James | 0001 | MTC-00023768
Wall, James | 0001 | MTC-00004815
Wall, Timothy | 0002 | MTC-00015843
Wallace, Alex | 0001 | MTC-00027222
Wallace, Edith | 0002 | MTC-00017779
Wallace, Jenny | 0001 | MTC-00030001
Wallace, Jerry | 0001 | MTC-00029727
Wallace, Lee | 0001 | MTC-00005994
Wallace, Steven | 0001 | MTC-00019089
Wallace, Tim | 0001 | MTC-00015617
Wallace, Virgina | 0001 | MTC-00006695
Wallace, William | 0001 | MTC-00015551
Wallace, William | 0001 | MTC-00028745
Wallach, Darlene | 0001 | MTC-00025500
Wallen, Jack | 0001 | MTC-00015227
Wallent, Ernest M. | 0001 | MTC-00006784
Waller, Noah L. | 0001 | MTC-00019840
Wallgren@ flash.net | 0001 | MTC-00028185
Wallin, Eric | 0001 | MTC-00017127
Wallingford, Ted | 0003 | MTC-00014294
Wallis, Gary | 0001 | MTC-00003831
Wallis, J. H. | 0001 | MTC-00008703
Wallis, Richard | 0001 | MTC-00023936
Walls, Monty | 0001 | MTC-00019164
Walser, David | 0002 | MTC-00027262
Walsh, Brian | 0001 | MTC-00014000
Walsh, Clifford J. | 0001 | MTC-00031581
Walsh, David | 0002 | MTC-00010708
Walsh, John K. | 0001 | MTC-00017493
Walsh, Kevin | 0001 | MTC-00030641
Walsh, Mark | 0002 | MTC-00012786
Walsh, Niall | 0001 | MTC-00015652
Walsh, Steve | 0001 | MTC-00017124
Walt | 0001 | MTC-00016812
Walt | 0002 | MTC-00029257
Walt, Donnie | 0001 | MTC-00012849
Walter, Diane | 0001 | MTC-00025766
Walter, George | 0002 | MTC-00024965
Walter, Lee | 0001 | MTC-00028768
Walter, Michael A. | 0001 | MTC-00012061
Walter, Nick | 0001 | MTC-00015497
Walters, Chad | 0001 | MTC-00023099
Walters, Elizabeth | 0001 | MTC-00031526
Walters, Ian | 0003 | MTC-00013383
Walters, Ken | 0001 | MTC-00007815
Walters, Pat | 0002 | MTC-00003104
Walther, Frederick and Coleen | 0001 | MTC-00030480
Walther, Jonathan | 0001 | MTC-00014876
Walton, Dave | 0001 | MTC-00028367
Walton, James | 0003 | MTC-00019524
Walton, Jeremy | 0001 | MTC-00026560
Walton, Jim | 0002 | MTC-00014637
Walton, Kimberly | 0001 | MTC-00031551
Walton, Krista | 0001 | MTC-00013717
Walton, Lynn | 0001 | MTC-00011922
Walton, Randy | 0001 | MTC-00016191
Waltrip, Charles | 0002 | MTC-00004959
Wanderer, Donald and Elizabeth | 0002 | MTC-00010210
Wandling, Jeff | 0001 | MTC-00018532
Wane, Louise F. | 0001 | MTC-00030413
Wanek, Tom | 0001 | MTC-00015267
Wang, Bill | 0001 | MTC-00006707
Wang, Brian | 0001 | MTC-00003358
Wang, Daniel | 0001 | MTC-00017510
Wang, John Yuh-Chung | 0001 | MTC-00007133
Wang, Joseph | 0001 | MTC-00008947
Wang, S. | 0001 | MTC-00000192
Wang, Sam | 0002 | MTC-00031116
Wang, Yuhong | 0001 | MTC-00004292
Wangh, Rebecca | 0001 | MTC-00030969
Waranch | 0001 | MTC-00005858
Warbington, Adam | 0001 | MTC-00000130
Ward, Clifford | 0001 | MTC-00031201
Ward, Gary | 0001 | MTC-00023456
Ward, J.J. | 0001 | MTC-00019055
Ward, Joy | 0001 | MTC-00006607
Ward, Ken | 0001 | MTC-00013996
Ward, Kevin | 0001 | MTC-00011775
Ward, Lester | 0002 | MTC-00029330
Ward, Mike | 0001 | MTC-00008632
Ward, Nathaniel | 0001 | MTC-00025430
Ward, Randy | 0001 | MTC-00016864
Ward, Rebecca | 0001 | MTC-00019938
Ward, Rebecca | 0001 | MTC-00029360
Ward, Tommy | 0002 | MTC-00028482
Ward, William R. | 0001 | MTC-00022406
Warden, Billy | 0001 | MTC-00031926
Wardman, Chris | 0001 | MTC-00001308
Ware, Jack | 0003 | MTC-00005403
Ware, Ryan | 0001 | MTC-00010782
Warfield, Richard | 0001 | MTC-00014734
Warkentin, Mark | 0001 | MTC-00018746
Warneke, Lon | 0001 | MTC-00006955
Warner, Andy | 0001 | MTC-00028470
Warner, Bill | 0001 | MTC-00017494
Warner, J.P. | 0001 | MTC-00025037
Warner, Mason | 0001 | MTC-00016725
Warner, Ruth | 0001 | MTC-00025630
Warner, Todd | 0001 | MTC-00025541
Warner, William | 0002 | MTC-00017590
Warnes, Gregory | 0003 | MTC-00016505
Warnick, Brad | 0001 | MTC-00021397
Warnick, Derek | 0001 | MTC-00012592
Warnocz, Matt | 0001 | MTC-00001282
Warot, Mike | 0002 | MTC-00022144
Warren, Clinton L. | 0001 | MTC-00023116
Warren, Donovan | 0002 | MTC-00003845
Warren, Ellen | 0001 | MTC-00011609
Warren, Ellen | 0001 | MTC-00014058
Warren, Lee | 0001 | MTC-00000322
Warren, Michael | 0001 | MTC-00008384
Warren, Robert | 0001 | MTC-00005357
Warren, Robert C. | 0001 | MTC-00004177
Warren, Scott | 0001 | MTC-00002453
Warren, Wilson Franklin | 0001 | MTC-00027571
Warrensford, Dan | 0001 | MTC-00008301
Warrensford, Dan | 0002 | MTC-00022887
Warrington, Jeff | 0001 | MTC-00019829
Warsaw, Barry A. | 0001 | MTC-00015336
Warshawsky, Susan | 0001 | MTC-00031063
Warsi, Saif A. | 0001 | MTC-00003942
Wartell, James | 0001 | MTC-00015026
Washburn, Brian | 0001 | MTC-00015830
Washington, Craig | 0001 | MTC-00008502
Wasilewski, Stefan | 0002 | MTC-00018082
Waski, Jane | 0002 | MTC-00010723
Wason, Pete | 0001 | MTC-00004155
Wassman, Christopher | 0002 | MTC-00018699
Wasson, Tom | 0001 | MTC-00016986
Watanabe, Henry M. | 0001 | MTC-00007101
Watanabe, Nathan | 0002 | MTC-00022584
Waterman, Bryan | 0001 | MTC-00004036
Waterman, Bryan | 0002 | MTC-00017074
Waterman, Joel | 0002 | MTC-00017671
Waters, David M. | 0001 | MTC-00014335
Waters, Dolly | 0002 | MTC-00027993
Waters, Kyle | 0001 | MTC-00008976
Waterson, Chris | 0001 | MTC-00028093
Watkins, Benjamin | 0001 | MTC-00016447
Watkins, David | 0001 | MTC-00007729
Watkins, David | 0001 | MTC-00004320
Watkins, Jared | 0001 | MTC-00021162
Watkins, Marv | 0001 | MTC-00002673
Watkins, Steve | 0001 | MTC-00004675
Watkins, Steve | 0002 | MTC-00016606
Watlington, John A. | 0001 | MTC-00028325
Watson, Anne | 0001 | MTC-00018193
Watson, Dave | 0001 | MTC-00004188
Watson, Eric | 0002 | MTC-00013657
Watson, Gary | 0001 | MTC-00015037
Watson, Greg | 0001 | MTC-00022891
Watson, Kurt | 0001 | MTC-00017806
Watson, Lawrence J. | 0001 | MTC-00021663
Watson, Michael | 0002 | MTC-00020205
Watson, Rosemary | 0001 | MTC-00005899
Watson, Ryan | 0001 | MTC-00023492
Watson, Tom | 0001 | MTC-00000522
Watson, Tom | 0001 | MTC-00015750
Watson, William C. | 0001 | MTC-00022945
Watters, Josh | 0002 | MTC-00021125
Watters, Wesley | 0001 | MTC-00010198
Watton, Alex | 0001 | MTC-00015562
Watts Family | 0001 | MTC-00003542
Watts, Carol | 0001 | MTC-00026558
Watts, Gail | 0001 | MTC-00013965
Wauck, Mark | 0001 | MTC-00004895
Wawronowicz, Richard P. | 0001 | MTC-00000459
Wawronowicz, Richard P. | 0001 | MTC-00000460
Waxdahl, Nancy | 0001 | MTC-00029898
Waxman, Harvey D.M.D. | 0001 | MTC-00007879
Way, Shelley | 0002 | MTC-00025221
Wayne, Annabel | 0001 | MTC-00005563
Wayne, Rosa | 0001 | MTC-00003151
Wayne, Rose | 0003 | MTC-00029731
wcollar@ jheng.com | 0001 | MTC-00021446
Weaks, Bill | 0001 | MTC-00014224
Weast, Gordon | 0001 | MTC-00002199
Weatherell, David M. | 0001 | MTC-00026447
Weatherford, Paul D. | 0001 | MTC-00004329
Weatherford, Paul D. | 0001 | MTC-00007303
Weatherspoon, John | 0001 | MTC-00002811
Weathjer, Norman R. | 0003 | MTC-00024918
Weaver, Carolyn | 0001 | MTC-00010123
Weaver, John B. | 0001 | MTC-00003121
Weaver, Lester E. | 0002 | MTC-00032015
Weaver, Mark | 0001 | MTC-00029311
Webb, Jon | 0001 | MTC-00003937
Webb, Kathleen | 0001 | MTC-00013421
Webb, Margaret | 0001 | MTC-00031301
Webb, Matt | 0001 | MTC-00013962
Webb, Michael | 0001 | MTC-00019567
Webb, Timothy J. | 0001 | MTC-00018926
Webber, Paul M. | 0002 | MTC-00002146
Weber, Arthur | 0002 | MTC-00021057
Weber, Blanc | 0001 | MTC-00011054
Weber, Jim and/or Betty | 0001 | MTC-00000612
Weber, Joe | 0001 | MTC-00006498
Weber, Les | 0001 | MTC-00014443
Webster, Clay | 0001 | MTC-00003619
Webster, Edwin | 0002 | MTC-00033518
Webster, John | 0001 | MTC-00009042
Webster, Rich | 0001 | MTC-00002452
Weckstine@ aol.com | 0001 | MTC-00007642
Weddington, Susan | 0001 | MTC-00033794
Wedge, Gene | 0001 | MTC-00005686
Wedin, Isaac | 0001 | MTC-00018301
Weeber, Ruth | 0001 | MTC-00028928
Weed, Jeff | 0001 | MTC-00008109
Weed, Lana | 0001 | MTC-00002905
Weed, Lana | 0001 | MTC-00002907
Weeks, Casey | 0001 | MTC-00001551
Weeks, Chris | 0001 | MTC-00020426
Weeks, Dan | 0001 | MTC-00024041
Weeler, Robert | 0004 | MTC-00022835
Weger, Kenneth J. | 0001 | MTC-00030316
Weger, Kenneth J. | 0001 | MTC-00031992
Wegerg, Don | 0001 | MTC-00029128
Wehb, Roger | 0001 | MTC-00008923
Wehring, Brenden | 0002 | MTC-00032920
Wehser, Sen | 0001 | MTC-00019062
Weiblen, Cernise | 0002 | MTC-00033387
Weichert, Ken | 0001 | MTC-00001689
Weidlick, Michael | 0001 | MTC-00019908
Weik, Steve | 0003 | MTC-00011015
Weiland, Ken | 0001 | MTC-00004015
Weilnan, Stanley | 0001 | MTC-00001730
Weily, Viveka | 0002 | MTC-00003457
Weimer, Al | 0001 | MTC-00003072
Weinbeng, Gerry | 0001 | MTC-00031604
Weinberg, Gerry | 0001 | MTC-00006408
Weinberg, Jerome | 0001 | MTC-00008398
Weinbert, Zachary | 0001 | MTC-00027569
Weiner, Robert | 0002 | MTC-00018145
Weinstein, Sam | 0001 | MTC-00019245
Weintraub, Lynne | 0001 | MTC-00000128
Weintraub, Marc S. | 0003 | MTC-00025763
Weintraut, Joe | 0002 | MTC-00024098
Weirbach, Sam | 0001 | MTC-00006237
Weirich, bill | 0001 | MTC-00008349
Weis, Eri | 0004 | MTC-00020055
Weis, Richard | 0001 | MTC-00005390
Weisberg, Harold | 0001 | MTC-00006892
Weise, Jim | 0001 | MTC-00013389
Weisel, MIchael | 0003 | MTC-00031666
Weiss, Harlene | 0001 | MTC-00007046
Weiss, Rick | 0001 | MTC-00015971
Weitzel, Chuck | 0001 | MTC-00005008
Weitzman, Moshe | 0001 | MTC-00020841
Welble-Jones, Angie | 0001 | MTC-00030024
Welbourne, Jeff | 0001 | MTC-00005784
Welch, Eric | 0001 | MTC-00001381
Welch, Roy | 0002 | MTC-00027751
Welch, Victoria | 0003 | MTC-00004487
Welcker, Ernie | 0002 | MTC-00014786
Weldon, Larry | 0001 | MTC-00003138
Weldon, Patrick | 0001 | MTC-00031723
Weldon, Thomas Paul | 0001 | MTC-00030717
Weller, Peter | 0001 | MTC-00006731
Weller, Robert A. | 0001 | MTC-00006651
Welles, Linda | 0001 | MTC-00015478
Wellington, Brad | 0001 | MTC-00000257
Wellington, Brad | 0001 | MTC-00000294
Wellington, Bradley | 0001 | MTC-00011100
Wellner, Rich | 0002 | MTC-00004698
Wells, Chris | 0001 | MTC-00015423
Wells, Daniel | 0001 | MTC-00003197
Wells, Daniel | 0002 | MTC-00005344
Wells, Deanna | 0001 | MTC-00008648
Wells, Dee | 0001 | MTC-00011563
Wells, Kathryn | 0001 | MTC-00012030
Welsh, Charles | 0001 | MTC-00019356
Welsh, Chris | 0001 | MTC-00000255
Welsh, J. | 0001 | MTC-00009002
Welshaud, Marvin | 0001 | MTC-00008922
Welshons, Cihola | 0001 | MTC-00021834
Weltanhouse@ msn.com | 0001 | MTC-00010435
Welter, Bill | 0001 | MTC-00004406
Wender, Diane | 0001 | MTC-00025991
Wender, Sherri | 0001 | MTC-00011508
Wendoloski, Darrow | 0001 | MTC-00023875
Wendt, Gary | 0001 | MTC-00016353
wendyfairfield@ aol.com | 0001 | MTC-00024761
Wengeler, Achim | 0001 | MTC-00017468
Wenger, John R. | 0001 | MTC-00004462
Wenger, Mary E. | 0001 | MTC-00031369
wenparrish@ aol.com | 0001 | MTC-00007993
Wenrick, Jack | 0001 | MTC-00001350
Wensley, Matthew | 0001 | MTC-00002080
Wentzel, Robert | 0001 | MTC-00031102
Werberg, Michael L. | 0001 | MTC-00008987
Werle, Bill | 0001 | MTC-00018032
Werner, Kathleen | 0001 | MTC-00022830
Werpy, Jason | 0001 | MTC-00016363
Wersan, Stephen J. | 0001 | MTC-00009290
Werth, Brad | 0001 | MTC-00013410
Wertheimer, Phillip | 0001 | MTC-00005598
Werts, Lucy Day | 0002 | MTC-00026514
Wesner, Kirk | 0002 | MTC-00008698
Wessels, Richard | 0001 | MTC-00011466
Wesson, Gilbert | 0001 | MTC-00025473
West, Andy | 0001 | MTC-00007721
West, Bradford | 0002 | MTC-00006133
West, Brian | 0001 | MTC-00001314
West, Dennis | 0002 | MTC-00004802
West, Fred | 0001 | MTC-00011794
West, Gerry | 0001 | MTC-00006334
West, J.C. | 0002 | MTC-00024370
West, Jim | 0001 | MTC-00020882
West, Joel | 0001 | MTC-00029514
West, Kathleen | 0001 | MTC-00031200
West, Lee and Bobby | 0001 | MTC-00028889
Westberg, Michael | 0003 | MTC-00000792
Westbrooks, Jack | 0001 | MTC-00030624
Westcoat, Mic | 0001 | MTC-00023728
Westenkow, Richard | 0002 | MTC-00004152
Westerdale | 0002 | MTC-00020034
Westerdale, John | 0001 | MTC-00000443
Westgard, Sten | 0001 | MTC-00003149
Westlund, J. | 0001 | MTC-00007055
Weston, David | 0001 | MTC-00029940
Westover, Michael | 0001 | MTC-00008230
Wetherbee, Charles D. | 0001 | MTC-00030890
Wetzel, Jack | 0001 | MTC-00032049
Wexler, Mike | 0002 | MTC-00000697
Weyfens, Randall | 0001 | MTC-00010582
Weygandt, John | 0001 | MTC-00013890
Whalen, Ann | 0001 | MTC-00007700
Whalen, Mike | 0002 | MTC-00000270
Whaler, Alan | 0001 | MTC-00013562
Wharton, Brett | 0002 | MTC-00008165
Wharton, Richard C. | 0001 | MTC-00009767
Wheat, Mitch | 0001 | MTC-00019810
Wheat, Robert | 0001 | MTC-00011079
Wheder, Raymond | 0001 | MTC-00022569
Whedon, David | 0001 | MTC-00017129
Wheeler, David | 0001 | MTC-00016487
Wheeler, David A. | 0003 | MTC-00030331
Wheeler, F.E. | 0001 | MTC-00025471
Wheeler, Irene M. | 0001 | MTC-00031207
Wheeler, James | 0001 | MTC-00023522
Wheeler, Kathy | 0001 | MTC-00018147
Wheeler, Keith D. | 0002 | MTC-00030451
Wheeler, Ken | 0002 | MTC-00033437
Wheeler, Paul | 0001 | MTC-00005151
Wheeler, Steven R. | 0001 | MTC-00027247
Wheelus, Charles | 0002 | MTC-00018067
Whelan, Daniel | 0001 | MTC-00030812
Whelan, Jerry | 0002 | MTC-00023512
whennz0009@ aol.com | 0001 | MTC-00014538
Whicker, Jeff | 0002 | MTC-00011084
Whinnery, Petter | 0001 | MTC-00023796
Whipple, Christopher | 0001 | MTC-00000814
Whitaker, Betty | 0002 | MTC-00004844
Whitaker, C. Dean | 0005 | MTC-00032079
Whitaker, John | 0001 | MTC-00000199
Whitcomb, Matthew | 0001 | MTC-00006086
Whitcroft, Andrew | 0001 | MTC-00015492
White, Brenda | 0001 | MTC-00018822
White, Christopher | 0001 | MTC-00024446
White, David | 0001 | MTC-00023455
White, Douglas R. | 0001 | MTC-00009582
White, Fred | 0001 | MTC-00031759
White, James | 0001 | MTC-00033566
White, James | 0001 | MTC-00004280
White, James E. | 0002 | MTC-00030150
White, James S. | 0001 | MTC-00015684
White, Jeff | 0001 | MTC-00001448
White, Jeremy | 0006 | MTC-00022789
White, Jim | 0001 | MTC-00027513
White, Keith R. | 0001 | MTC-00005091
White, Kelly | 0001 | MTC-00017640
White, Ken | 0001 | MTC-00028828
White, Kevin | 0001 | MTC-00015738
White, Marty | 0002 | MTC-00020764
White, Oscar | 0001 | MTC-00026948
White, Robert | 0001 | MTC-00003686
White, Steven | 0002 | MTC-00027868
White, Steven | 0001 | MTC-00028031
White-Lowther, Justin | 0001 | MTC-00019249
Whitehouse, Alexander | 0001 | MTC-00000020
Whitehurst, Bobby | 0002 | MTC-00025562
Whitehurst, Lucretia | 0001 | MTC-00031208
Whitener, Miles | 0001 | MTC-00022578
Whitlach, Kendall | 0001 | MTC-00017536
Whitley, Mark | 0003 | MTC-00018292
Whitlock, Bill | 0001 | MTC-00028702
Whitmer, Ray | 0003 | MTC-00028962
Whitmore, Doug | 0001 | MTC-00022499
Whitmore, Paul | 0001 | MTC-00000875
Whitmore, Paul | 0001 | MTC-00000878
Whitney, Alex | 0002 | MTC-00013431
Whitney, Cushing | 0003 | MTC-00016682
Whitney, Dennis | 0001 | MTC-00017720
Whitney, Justin | 0001 | MTC-00020067
Whitney, Mike | 0001 | MTC-00014973
Whitney, Nancy Goroff | 0001 | MTC-00025568
Whitson, Arthur | 0001 | MTC-00005976
Whitt, Robert K. | 0001 | MTC-00009043
Whittaker, Dennis | 0002 | MTC-00011266
Whitten, Ellen M. | 0001 | MTC-00031592
Whittet, Peter | 0001 | MTC-00030497
Whittier, Richard | 0001 | MTC-00025619
Whittington, Tim | 0001 | MTC-00009860
Whitworth, Tommy Share | 0001 | MTC-00015814
Whyte, Lamaan | 0001 | MTC-00003299
Wible, Tom | 0001 | MTC-00026783
Wibuwo, Anif Sahari | 0001 | MTC-00028506
Wick, Dale | 0001 | MTC-00023693
Wick, Laura | 0001 | MTC-00016756
Wick, Marilee | 0001 | MTC-00013196
Wickenkamp, Don | 0001 | MTC-00013450
Wicker, Dennis A. | 0001 | MTC-00031358
Wickland, Connie | 0001 | MTC-00024702
Wickline, Thomas | 0001 | MTC-00022766
Wicks, Allen | 0002 | MTC-00001292
Wicks, Allen | 0002 | MTC-00001297
Widen, Linette | 0001 | MTC-00025548
Widenor, William | 0001 | MTC-00020571
Widlansky, Hal | 0001 | MTC-00000328
Widman, Erick and Ivy | 0001 | MTC-00013788
Wiebe, David | 0001 | MTC-00016054
Wiedemann, Steve | 0001 | MTC-00004360
Wiedemann, Steve | 0002 | MTC-00013409
Wieder, Laurie | 0002 | MTC-00028471
Wiedman, Jim | 0001 | MTC-00024416
Wiedmer, Vondes | 0001 | MTC-00029712
Wiedower, Anthony | 0001 | MTC-00013856
Wielage, ron | 0001 | MTC-00024071
Wielage, Ron | 0001 | MTC-00024062
Wieland, Alexis | 0001 | MTC-00016461
Wieleba, Anthony | 0001 | MTC-00005321
Wielgosz, Richadus Vincencius | 0002 | MTC-00003699
Wieman, Bob | 0002 | MTC-00026603
Wiener, Dale | 0001 | MTC-00027639
Wiener, Wallace | 0001 | MTC-00031123
Wier, Colin | 0001 | MTC-00019339
Wierman, Dale | 0001 | MTC-00006786
Wiernik, Clifford | 0002 | MTC-00014057
Wiesen, Allen | 0001 | MTC-00010270
Wiesenmeyer, John | 0002 | MTC-00024892
Wiesenmeyer, Scott | 0002 | MTC-00001794
Wietiug, Ethan P. | 0001 | MTC-00009130
Wiggers, Tom | 0001 | MTC-00004361
Wiggins, Elizabeth | 0001 | MTC-00007106
Wiggnehorn, James K. | 0001 | MTC-00023270
Wiginton, Willie | 0001 | MTC-00005866
Wihgert, Ken | 0002 | MTC-00028527
Wilbrettre@ aol.com | 0001 | MTC-00006461
Wilburn, Darrell L. | 0002 | MTC-00027519
Wilcox, Deb | 0001 | MTC-00006757
Wilcox, Howard A. | 0001 | MTC-00006394
Wilcox, Howard A. | 0001 | MTC-00030751
Wilcox, Thomas | 0001 | MTC-00030645
Wilcox, Tom | 0001 | MTC-00018902
Wilcoxon, Steve | 0001 | MTC-00018850
Wilcoxson, Jim | 0001 | MTC-00002484
Wilde, Brent | 0002 | MTC-00029256
Wilder, Mr and Mrs. A. J. | 0001 | MTC-00006299
Wilding, Alvin G. | 0002 | MTC-00033430
Wilds, John L. | 0001 | MTC-00030042
Wilemon, Donnie | 0001 | MTC-00006307
Wiley, David | 0002 | MTC-00015788
Wiley, Michael | 0001 | MTC-00003192
Wilhelm, Kathleen | 0001 | MTC-00022410
Wilke, Sandi | 0001 | MTC-00009689
Wilkerson, Daniel S. | 0003 | MTC-00019992
Wilkerson, Harlan | 0004 | MTC-00028761
Wilkerson, John | 0001 | MTC-00018922
Wilkes, Boyd | 0001 | MTC-00008931
Wilkins, Gabriel | 0001 | MTC-00018052
Wilkins, James | 0001 | MTC-00029638
Wilkins, Lynn | 0001 | MTC-00003074
Wilkinson, Matthew | 0001 | MTC-00013589
Wilkinson, Osric | 0001 | MTC-00014864
Wilkinson, Ward | 0002 | MTC-00033481
Wilks, Allen | 0002 | MTC-00001846
Will | 0001 | MTC-00028111
Will, Tom | 0001 | MTC-00027141
Willard, Brook | 0001 | MTC-00013610
Willard, Larry | 0001 | MTC-00000678
Willcourt, Robin | 0001 | MTC-00020189
Willden, Greg | 0002 | MTC-00015555
Willems, James E. | 0001 | MTC-00028535
Willems, Michael | 0001 | MTC-00011078
Willes, Julieann | 0001 | MTC-00014648
Willet, George | 0002 | MTC-00031481
Willett, Thomas | 0001 | MTC-00002309
Willey, Eugene | 0001 | MTC-00000671
Willey, Eugene | 0001 | MTC-00000672
william@ mta2.srv.hcvlny.cv.net | 0001 | MTC-00000874
Williams | 0001 | MTC-00029609
Williams, Aaron | 0002 | MTC-00003618
Williams, Alan R. | 0001 | MTC-00007254
Williams, Andrew | 0002 | MTC-00018225
Williams, ANdrew | 0002 | MTC-00015557
Williams, Ben | 0001 | MTC-00029764
Williams, Bill | 0001 | MTC-00008091
Williams, Bonnie | 0002 | MTC-00024726
Williams, Cheryl | 0001 | MTC-00014778
Williams, Chris | 0002 | MTC-00010068
Williams, Christine | 0001 | MTC-00030304
Williams, Connie | 0001 | MTC-00011402
Williams, David | 0002 | MTC-00023339
Williams, Derek | 0002 | MTC-00015515
Williams, Dick | 0001 | MTC-00006433
Williams, Esther | 0001 | MTC-00025450
Williams, Garrett | 0001 | MTC-00027873
Williams, Gregg | 0002 | MTC-00028368
Williams, Henry S. | 0002 | MTC-00010744
Williams, Jake | 0001 | MTC-00015277
Williams, Jasmin | 0002 | MTC-00026418
Williams, Jeff | 0002 | MTC-00007454
Williams, Jim | 0001 | MTC-00000728
Williams, John K. | 0001 | MTC-00013648
Williams, Karen and Harold | 0001 | MTC-00011171
Williams, Lance | 0001 | MTC-00001652
Williams, Larry D. | 0002 | MTC-00030016
Williams, Lawrence O. | 0002 | MTC-00025047
Williams, Loren | 0001 | MTC-00000699
Williams, Michael | 0001 | MTC-00019122
Williams, Owen | 0002 | MTC-00003597
Williams, Patrick | 0001 | MTC-000041
Williams, Randy | 0002 | MTC-00023422
Williams, Richard | 0001 | MTC-00001685
Williams, Robert | 0001 | MTC-00010518
Williams, Roy E. | 0001 | MTC-00006044
Williams, Ryan | 0002 | MTC-00027132
Williams, Shane | 0002 | MTC-00024525
Williams, Stephen | 0002 | MTC-00023603
Williams, Terry | 0002 | MTC-00028264
Williams, William | 0001 | MTC-00010633
Williams, Wynn Gail | 0002 | MTC-00028447
Williamson, Dan | 0001 | MTC-00003488
WIlliamson, Jack | 0001 | MTC-00010903
Williamson, John | 0001 | MTC-00003971
Williamson, Matt | 0001 | MTC-00004505
Williamson, Paul | 0001 | MTC-00019227
Williamson, Step | 0001 | MTC-00007075
Williamson, Thomas | 0001 | MTC-00015405
Willis, James E. | 0001 | MTC-00002618
Willis, Jeff | 0001 | MTC-00015440
Willis, Mark S. | 0001 | MTC-00001306
Willis, Nathan | 0001 | MTC-00016331
Willison, Grant | 0001 | MTC-00018915
Willisson, Paic | 0001 | MTC-00015920
Williston, Don | 0001 | MTC-00000006
Willner, David | 0001 | MTC-00005445
Wills, Frank | 0001 | MTC-00006506
Wills, Josh | 0002 | MTC-00015510
Wills, Richard | 0002 | MTC-00010681
Wills, Robert | 0001 | MTC-00018583
Wills, Thomas | 0001 | MTC-00010014
Willson, Dan | 0002 | MTC-00016970
Willson, David J. | 0001 | MTC-00007553
Willson, WEndy | 0001 | MTC-00024935
Wilmarth, Jeremy | 0001 | MTC-00009787
Wilmot, Dick | 0001 | MTC-00013484
Wilner, Richard | 0001 | MTC-00004645
Wilson | 0001 | MTC-00007767
Wilson, Allan | 0001 | MTC-00007086
Wilson, Barry | 0001 | MTC-00024322
Wilson, Ben | 0001 | MTC-00017505
Wilson, Dennis | 0002 | MTC-00027417
Wilson, Donald | 0002 | MTC-00003581
Wilson, Gerald | 0002 | MTC-00020477
Wilson, Ian | 0002 | MTC-00004848
Wilson, Irmgard | 0002 | MTC-00024031
Wilson, Jeff | 0001 | MTC-00019081
Wilson, Jerry L. | 0001 | MTC-00027115
Wilson, Jim | 0001 | MTC-00012918
Wilson, Jimmy | 0001 | MTC-00000396
Wilson, John | 0001 | MTC-00028971
Wilson, John G. | 0001 | MTC-00019127
Wilson, Mack | 0002 | MTC-00014615
Wilson, Mark | 0001 | MTC-00015075
Wilson, Mark | 0001 | MTC-00001661
Wilson, Michael | 0001 | MTC-00025477
Wilson, Mike | 0001 | MTC-00018257
Wilson, Nathan | 0001 | MTC-00017365
Wilson, Nona L. | 0001 | MTC-00030047
Wilson, O.W. | 0001 | MTC-00026643
Wilson, Peter | 0001 | MTC-00020498
Wilson, Ray | 0001 | MTC-00000494
Wilson, Rep. Connie | 0001 | MTC-00031955
Wilson, S. A. | 0001 | MTC-00015618
Wilson, Scott | 0001 | MTC-00019265
Wilson, Scott | 0001 | MTC-00007039
Wilson, Stephen | 0001 | MTC-00017798
Wilson, Susan | 0002 | MTC-00032931
Wilson, Veta | 0001 | MTC-00011697
Wilson, Walt | 0001 | MTC-00026034
Wilson, Walter I. | 0001 | MTC-00000467
Wilson, Wendy | 0001 | MTC-00007196
Wilzbach, Paul | 0001 | MTC-00022034
Wimble, Jeff | 0001 | MTC-00012841
Winch, Sam | 0001 | MTC-00003989
Winchell, David G. | 0001 | MTC-00010177
Windom, Bob and Rita | 0001 | MTC-00007696
Winecoff, Michael | 0001 | MTC-00016959
Wines, Samuel | 0001 | MTC-00007690
Wineteer, E. Jane | 0001 | MTC-00024022
wingswren@ yahoo.com | 0001 | MTC-00028087
Winick, Dorothy | 0001 | MTC-00006835
Winkler, David | 0001 | MTC-00004149
Winkler, James | 0002 | MTC-00010495
Winkler, Lydia | 0001 | MTC-00025425
Winkler, Suzanne | 0001 | MTC-00026333
Winkler, Wynn | 0001 | MTC-00019831
Winkless, Daniel | 0001 | MTC-00002610
Winlett, Barry | 0001 | MTC-00015449
Winn, Ross | 0001 | MTC-00022474
Winn, Vicki | 0001 | MTC-00011529
Winner, George H. | 0002 | MTC-00031813
Winright, Wade | 0001 | MTC-00015895
Winslade, Winston | 0001 | MTC-00008675
Winslow, Larry | 0001 | MTC-00002231
Winston, Gregory | 0001 | MTC-00010234
Winston, Sasha | 0001 | MTC-00010722
Winter, Barbara | 0002 | MTC-00008115
Winter, Gabriel | 0001 | MTC-00016047
Winter, Mark | 0001 | MTC-00026661
Winter, Phil | 0001 | MTC-00005182
Winterhalter, Robert | 0001 | MTC-00026066
Wintheiser, Rick | 0001 | MTC-00004938
Wintheiser, Rick | 0001 | MTC-00009998
Wintheiser, Rick D. | 0001 | MTC-00001596
Wintte, G. | 0002 | MTC-00004622
Winzig, Thomas | 0002 | MTC-00027906
Wirht, Gus | 0001 | MTC-00019624
Wirick, Chris | 0001 | MTC-00024366
Wirwin5597@ aol.com | 0001 | MTC-00006008
Wise, Sally | 0001 | MTC-00012728
Wise, William | 0001 | MTC-00015415
Wiseman, Kurt | 0001 | MTC-00008217
Wiseman, Timothy | 0002 | MTC-00021199
Wishnefsky, Bob | 0001 | MTC-00001552
Wismar, Andrew | 0001 | MTC-00018506
Wisniewski, David | 0002 | MTC-00001812
Wisniewski, Wayne | 0001 | MTC-00030318
Wissing, Keith D. | 0001 | MTC-00016117
Wissman, Russ | 0001 | MTC-00031772
Withington, P. T. | 0001 | MTC-00001968
Withrow, Gary L. | 0001 | MTC-00016357
Witmer, Tom | 0001 | MTC-00016726
Witt, Chip | 0001 | MTC-00027826
Witt, David | 0001 | MTC-00024864
Wittenberg,Peter and Ursula | 0001 | MTC-00022395
Wittman, Michael | 0002 | MTC-00027015
Wittmeyer, Greg | 0002 | MTC-00019315
Wittstruck, Rick | 0002 | MTC-00017477
Wixson, Mahlon and Doreen | 0002 | MTC-00010172
wmenzen@ hushmail.com | 0001 | MTC-00015623
Wodarczyk, Bill | 0003 | MTC-00026628
Woehrer, Mark | 0001 | MTC-00003612
Woelfel, Jack and Mrs. | 0001 | MTC-00029977
Wohlfarth, Robert | 0001 | MTC-00027518
Wojcik, Michael | 0001 | MTC-00023005
Wojdacki, Justin | 0002 | MTC-00026206
Wojtyniak, Tim; Rizzuto, Phil | 0005 | MTC-00004555
Wold, Greg | 0001 | MTC-00016182
Woldt, Willard | 0001 | MTC-00032114
Wolf, Arthur | 0001 | MTC-00012894
Wolf, Nelson P. | 0001 | MTC-00017633
Wolf, Philip C. | 0002 | MTC-00004831
Wolf, Philip C. | 0002 | MTC-00019134
Wolf, Raymond | 0001 | MTC-00008149
Wolf, Rick | 0001 | MTC-00029754
Wolf, Ruthanna | 0001 | MTC-00007457
Wolf, Sander | 0001 | MTC-00015941
Wolf, Tom | 0001 | MTC-00006229
Wolf, Tom | 0001 | MTC-00028796
Wolfe, David K. | 0001 | MTC-00001991
Wolfe, David K. | 0001 | MTC-00001997
Wolfe, Dennis | 0001 | MTC-00005937
Wolfe, Jeff | 0001 | MTC-00019147
Wolfe, Richard | 0002 | MTC-00016426
Wolfe, Sean | 0001 | MTC-00004244
Wolff, Dick | 0001 | MTC-00006711
Wolff, Gregory J. | 0002 | MTC-00017602
Wolff, Joseph J. | 0002 | MTC-00004791
Wolfgram, Greg | 0002 | MTC-00033605
Wolfram, Gary | 0001 | MTC-00024281
Wollenberg, Michael | 0001 | MTC-00000549
Wolpert, Ned | 0002 | MTC-00000060
Wolpert, Patrick J. | 0002 | MTC-00001529
Wolpert, Robert | 0001 | MTC-00013873
Wolske, Chris | 0002 | MTC-00033351
Wolske, Christopher | 0002 | MTC-00023839
Wolters, Martin | 0001 | MTC-00020187
Wolverton, Tony | 0002 | MTC-00022418
Womble, Robert | 0001 | MTC-00000480
Won, Brian J | 0001 | MTC-00023971
Wong, Allen | 0001 | MTC-00002546
Wong, Derek | 0001 | MTC-00003757
Wong, Jason | 0001 | MTC-00006589
Wong, MunHon | 0001 | MTC-00020335
Wong, Rick | 0001 | MTC-00026146
Wong, Robert | 0001 | MTC-00004810
Wong, Thomas | 0001 | MTC-00001647
Wong-Godfrey, Decker F | 0002 | MTC-00027911
Woo, Roseanne | 0001 | MTC-00011513
Wood, Andy | 0001 | MTC-00012524
Wood, Bert | 0001 | MTC-00009580
Wood, Bonnie | 0002 | MTC-00028310
Wood, Bonnie | 0001 | MTC-00029950
Wood, Bonnie F. | 0001 | MTC-00026997
Wood, Brian | 0002 | MTC-00026502
Wood, Brian | 0001 | MTC-00018202
Wood, Cecily | 0001 | MTC-00011149
Wood, Cecily | 0001 | MTC-00008033
Wood, Charles | 0001 | MTC-00018910
Wood, Curtis | 0001 | MTC-00016265
Wood, David | 0001 | MTC-00000475
Wood, Eric | 0002 | MTC-00003332
Wood, Ernest | 0001 | MTC-00014679
Wood, James A. Jr. | 0002 | MTC-00021750
Wood, Jason | 0001 | MTC-00027314
Wood, Joanna | 0001 | MTC-00029757
Wood, Kathy | 0001 | MTC-00002945
Wood, Linda | 0001 | MTC-00005300
Wood, Robert | 0003 | MTC-00030286
Wood, Robert E. | 0003 | MTC-00024566
Wood, Russ | 0001 | MTC-00009039
Wood, Sharon | 0001 | MTC-00007794
Wood, Sharon | 0001 | MTC-00012386
Wood, Ted | 0001 | MTC-00015931
Wood, Timothy J. | 0001 | MTC-00017225
Wood, Walter | 0001 | MTC-00017948
Wood, Wayne | 0001 | MTC-00012544
Wood, Will | 0002 | MTC-00000511
Woodall, Kermit | 0001 | MTC-00015063
Woodard, Chris | 0001 | MTC-00018722
Woodberry, W. Potter | 0001 | MTC-00011955
Woodford, Hackley E. | 0001 | MTC-00011638
Woodraska, Robert J. | 0001 | MTC-00014971
Woodroof, Scot | 0001 | MTC-00010119
Woodrow, Shirley | 0001 | MTC-00031056
Woodruff, Bryan A. and Lisa | 0001 | MTC-00010059
Woodruff, Howard | 0001 | MTC-00006062
Woods, Jim | 0002 | MTC-00029412
Woods, John | 0001 | MTC-00029875
Woods, Lenny | 0001 | MTC-00005490
Woods, Mark | 0001 | MTC-00023453
Woods, Paul R. | 0001 | MTC-00020001
Woods, Perry K | 0001 | MTC-00030381
Woods, Peter | 0001 | MTC-00010219
Woods, Scott | 0001 | MTC-00002937
Woods, Sean | 0001 | MTC-00020781
Woodward, Bill | 0001 | MTC-00022844
Woodward, Chris | 0001 | MTC-00004897
Woodward, James | 0001 | MTC-00029855
Woodward, Jason | 0001 | MTC-00003734
Woodward, Kathy W. | 0001 | MTC-00009474
Woody, Darven | 0001 | MTC-00022785
Woody, Nathaniel | 0001 | MTC-00015114
Woog, Lionel | 0001 | MTC-00020847
Woolbright, T. Blake | 0001 | MTC-00016591
Woolf, Kenneth H. | 0002 | MTC-00022682
Woolf, Sandy | 0001 | MTC-00007246
Woolfolk, Clifford | 0003 | MTC-00027055
woolfolk@ outerbounds.net | 0001 | MTC-00017249
Woolsey, David | 0002 | MTC-00027383
Woolverton, Stveven | 0001 | MTC-00005257
Worcester, Andrew | 0001 | MTC-00018575
Worden, Howard and Kathryn | 0001 | MTC-00000594
Workman, David | 0001 | MTC-00006384
works@ itgs.presearch.com | 0001 | MTC-00019634
Worley, Birl W. | 0001 | MTC-00015892
Worley, Chris | 0002 | MTC-00005907
Worley, Chris | 0002 | MTC-00015495
Worley, Chris | 0001 | MTC-00033147
Worley, Scott | 0002 | MTC-00003625
Worman, Timothy | 0002 | MTC-00001714
Wormon, Timothy | 0002 | MTC-00001696
Worsham, Jim | 0001 | MTC-00008522
Worster, James | 0001 | MTC-00002626
Worth, Eugene R. | 0001 | MTC-00002796
Worth, Jeffrey | 0001 | MTC-00019361
Worth, Ryan and Koppe, Brian | 0002 | MTC-00019781
Wortham, Carlton | 0001 | MTC-00020588
Worthel, Bruce W. | 0001 | MTC-00006283
Worthington, Jim | 0001 | MTC-00027788
Woudenberg, Eoko | 0002 | MTC-00029531
Woynaranski, Jan | 0002 | MTC-00025279
WP/MH | 0001 | MTC-00011671
Wpnelson@ aol.com | 0001 | MTC-00004471
Wralston29 | 0001 | MTC-00003624
Wray, Don | 0001 | MTC-00011677
Wray, Donald | 0001 | MTC-00008672
Wray, Gene | 0001 | MTC-00000353
Wrcoal | 0001 | MTC-00028252
Wren, Tony | 0003 | MTC-00013802
Wrenn, Zorina | 0001 | MTC-00031185
Wright, A. J. | 0001 | MTC-00003818
Wright, Brandon | 0002 | MTC-00029052
Wright, Brian | 0001 | MTC-00033705
Wright, Byron | 0001 | MTC-00029908
Wright, Charles | 0001 | MTC-00026826
Wright, Elijah | 0001 | MTC-00016248
Wright, Frank A. | 0002 | MTC-00031226
Wright, James R. Sr. | 0001 | MTC-00007869
Wright, John | 0001 | MTC-00012843
Wright, Larry | 0001 | MTC-00000118
Wright, Michael | 0001 | MTC-00005089
Wright, Mike | 0001 | MTC-00023754
Wright, Randall | 0001 | MTC-00031225
Wright, Randall | 0001 | MTC-00006436
Wright, Randall K. | 0001 | MTC-00006713
Wright, Robert | 0001 | MTC-00001731
Wright, Robert | 0001 | MTC-00004433
Wright, Steve | 0001 | MTC-00014790
Wright, Steve | 0001 | MTC-00015479
Wright, Thomas P. | 0001 | MTC-00033812
Wright, Tim | 0002 | MTC-00003584
Wright, Tim | 0001 | MTC-00013639
Wright, Tom | 0001 | MTC-00033795
Wright, Van T. | 0001 | MTC-00003062
Wright—1997@ yahoo.com | 0001 | MTC-00011765
wrljr2@ earthlink.com | 0001 | MTC-00017218
WRSousa | 0001 | MTC-00025895
wsmartshot@ aol.com | 0001 | MTC-00014550
wt.catch1 | 0001 | MTC-00020599
wtmizvto | 0001 | MTC-00028124
Wu, Bill | 0001 | MTC-00022533
Wulftange, Butch | 0001 | MTC-00007538
Wunn, Adam | 0001 | MTC-00027865
Wurzel, Josh | 0002 | MTC-00004396
Wushinskie, Robert | 0001 | MTC-00031014
Wustenhoff, Edward | 0001 | MTC-00000313
Wuts, Peter G. | 0001 | MTC-00005659
wwpearl@ aol.com | 0001 | MTC-00028779
www.Fur1252@ aol.com | 0001 | MTC-00011301
Wyatt, Bob | 0001 | MTC-00002839
Wyatt, Patrick | 0001 | MTC-00021589
Wyatt, Stuart | 0001 | MTC-00026699
Wydock, Lawrence R. | 0001 | MTC-00006691
Wylupski, Wayne | 0001 | MTC-00015178
Wyman, David S. | 0001 | MTC-00030747
Wyman, Stephen | 0002 | MTC-00006877
Wynlsk@ aol.com | 0001 | MTC-00008871
Wynn Jr., Sam | 0001 | MTC-00019569
Wynn, Bruce | 0001 | MTC-00028485
Wynn, Bruce | 0001 | MTC-00031157
Wynn, Harry | 0001 | MTC-00023132
Wynn, Joyce | 0001 | MTC-00031140
Wyss, Denny | 0001 | MTC-00002593
X, Bruce | 0001 | MTC-00031427
Xesdeeni, Xesdeeni | 0004 | MTC-00022769
Xi, Haifeng | 0001 | MTC-00032266
Xiong, Jason | 0001 | MTC-00000352
Xu, Frank | 0001 | MTC-00004782
Xu, Kang | 0002 | MTC-00025767
XXLT Investor | 0001 | MTC-00001376
Yager, Kevin | 0001 | MTC-00015573
Yager, Virginia | 0001 | MTC-00025602
Yaker, Charles | 0001 | MTC-00002657
Yakim, Joanne | 0002 | MTC-00013322
Yakin, Lori | 0002 | MTC-00031988
Yamada, Norman | 0003 | MTC-00015873
Yanes, Deirdre | 0001 | MTC-00000625
Yang, Bo | 0001 | MTC-00003653
Yang, Jason | 0001 | MTC-00026485
Yankanich, Nicholas | 0002 | MTC-00033598
Yanke, John Sr. | 0001 | MTC-00024520
Yanke, Maureen | 0001 | MTC-00024532
Yankin, Loland | 0001 | MTC-00029399
Yann, Richard | 0002 | MTC-00001961
Yannello, Russell C. | 0001 | MTC-00006954
Yanovich, Jody | 0001 | MTC-00009008
Yanovich, Zevy | 0001 | MTC-00008595
Yao, David | 0001 | MTC-00027425
Yarbrough, Joe | 0001 | MTC-00014231
Yarbrough, Joe | 0001 | MTC-00014635
Yarbrough, Shawn | 0001 | MTC-00016596
Yarden, Jon | 0001 | MTC-00017833
Yarger, Ned | 0001 | MTC-00001876
Yarnell, Harold | 0001 | MTC-00031919
Yatchak, John | 0001 | MTC-00019433
Yates, Andy | 0002 | MTC-00022719
Yates, Fred | 0001 | MTC-00006875
Yates, Ron | 0001 | MTC-00032135
yaun, Jim | 0001 | MTC-00031997
Yawn, Gary | 0001 | MTC-00001537
Yeager, Mark | 0002 | MTC-00021155
Yeargan, Shane | 0001 | MTC-00017814
Yee, Brian | 0001 | MTC-00016347
Yeh, Henry H. | 0002 | MTC-00027095
Yellman, Peter | 0002 | MTC-00003524
Yelmini, Vince | 0001 | MTC-00008093
Yen, Bernard | 0001 | MTC-00013164
Yerazunis, William | 0002 | MTC-00021756
Yergan, John | 0001 | MTC-00008912
Yerkes, Bill | 0001 | MTC-00006891
Yerrick, Damien | 0002 | MTC-00017976
Yewell, Scott | 0002 | MTC-00017714
Ying, Xingren | 0001 | MTC-00008403
Ying, Xingren | 0001 | MTC-00022114
Yitzchak, Gale | 0003 | MTC-00003814
Yock, Byron | 0001 | MTC-00022254
Yodster | 0001 | MTC-00015123
Yonaitis, Rob | 0001 | MTC-00005145
Yong, Joe | 0001 | MTC-00000590
Yonker, Tom B. | 0003 | MTC-00028272
York, Bryon | 0001 | MTC-00000268
York, Byron | 0001 | MTC-00004712
York, Josh | 0002 | MTC-00004692
York, Lawrence | 0001 | MTC-00009656
York, Melinda | 0001 | MTC-00008194
Yoshpe, Yonatan | 0002 | MTC-00013461
Yosko, Michael R. | 0001 | MTC-00029798
Yost, John | 0001 | MTC-00004208
Yost, Mike | 0001 | MTC-00016464
You, Chengxia | 0001 | MTC-00011265
You, Xia | 0001 | MTC-00009624
Youmans, Wes | 0001 | MTC-00004010
Young Eugene | 0001 | MTC-00008379
Young, Adam | 0002 | MTC-00017808
Young, Alexander | 0001 | MTC-00006418
Young, Anita | 0001 | MTC-00007262
Young, Arthur | 0001 | MTC-00023520
Young, Bill | 0001 | MTC-00028443
Young, Bob | 0002 | MTC-00017829
Young, Brennan | 0001 | MTC-00013291
Young, Chic | 0001 | MTC-00014089
Young, Christian | 0002 | MTC-00033460
Young, Darren | 0001 | MTC-00015614
Young, Gary | 0001 | MTC-00013611
Young, Gary D. | 0001 | MTC-00017625
Young, Glenn | 0001 | MTC-00026612
Young, Grant | 0001 | MTC-00028317
Young, Kenneth D. | 0001 | MTC-00006051
Young, Larry | 0003 | MTC-00029301
Young, Melvin | 0002 | MTC-00028342
Young, Paul | 0002 | MTC-00016057
Young, Paul | 0001 | MTC-00031520
Young, Paul | 0001 | MTC-00023449
Young, Phil | 0001 | MTC-00008120
Young, Sondra | 0002 | MTC-00028306
Young, Stan | 0001 | MTC-00011569
Young, Steven | 0001 | MTC-00026303
Young, Warner | 0001 | MTC-00018454
Young, William | 0001 | MTC-00029610
Youngblood, Carl | 0001 | MTC-00016404
Youngblood, Ross | 0001 | MTC-00016993
Younger, Jonathan | 0001 | MTC-00016419
Youngman, Samuel | 0002 | MTC-00033640
Younkia, Leland | 0001 | MTC-00029363
Younkin, James | 0001 | MTC-00013834
Younts, Alex | 0001 | MTC-00018702
yourpalgayle@ cs.com | 0001 | MTC-00011140
Yousefi, Gid | 0001 | MTC-00029978
Youssefyeh, Afshin D. | 0001 | MTC-00012419
Ystueta, William | 0001 | MTC-00008523
Yu, Kiyoshi | 0002 | MTC-00029331
Yu, Marilyn | 0001 | MTC-00028374
Yu, Patrick | 0001 | MTC-00021599
Yuma, Russell | 0001 | MTC-00008461
Yun, T. Charles | 0001 | MTC-00018307
Yunker, John | 0001 | MTC-00010513
Zaccaria, Arthur | 0001 | MTC-00031428
Zach, James | 0001 | MTC-00018706
Zach, Terry A. | 0001 | MTC-00012908
Zacharek, Ronald | 0002 | MTC-00033482
Zacharoff, Tom | 0001 | MTC-00019073
Zachary, John | 0001 | MTC-00000431
Zachgo, Mark | 0001 | MTC-00029633
Zack, Benjamin | 0001 | MTC-00004113
Zadar, Mike | 0001 | MTC-00009129
Zadzilka, Eugene | 0001 | MTC-00021479
Zago, Jennifer | 0001 | MTC-00030032
Zahn, Frederick | 0001 | MTC-00029184
Zahner, Geri | 0001 | MTC-00026804
Zahnle, Chris | 0002 | MTC-00010953
Zajonc, August | 0001 | MTC-00016757
Zak | 0001 | MTC-00023998
Zakariya, Shamyl | 0003 | MTC-00005044
Zakula, Mark | 0001 | MTC-00020876
Zalva, Jason C. | 0001 | MTC-00018337
Zander, Eric | 0001 | MTC-00016831
Zanevsky, Andrew | 0002 | MTC-00026717
Zang, Peng | 0001 | MTC-00015965
Zaniolo, Stephan | 0001 | MTC-00016074
Zaphod Beeblebrox | 0001 | MTC-00023142
Zappauti, Chris | 0001 | MTC-00015723
Zapple, David | 0002 | MTC-00029188
Zarate, Lucy | 0001 | MTC-00010118
Zaraw, William | 0001 | MTC-00031101
Zardetto, Giacomo | 0001 | MTC-00011645
Zarenin, Alex | 0001 | MTC-00004560
Zatz, David A. | 0001 | MTC-00009994
Zatz, David A. | 0001 | MTC-00001574
Zaumen, Bill | 0002 | MTC-00027056
Zaveloff, Steven | 0001 | MTC-00004599
Zawacki, Jason | 0002 | MTC-00014983
Zawodny, Paul | 0001 | MTC-00014103
Zbikowski, Aaron | 0002 | MTC-00016479
Zbikowski, Andy | 0003 | MTC-00017098
Zdanowicz, Ruth and Jim | 0001 | MTC-00009801
Zechmeir, Lewis | 0001 | MTC-00029538
Zehner, Charlie | 0001 | MTC-00023708
Zeigerson, Greg | 0001 | MTC-00007140
Zelie, Elizabeth | 0001 | MTC-00026091
Zelikoff, Herb | 0001 | MTC-00030395
Zellel; Charlene G. | 0001 | MTC-00031480
Zeller, Henry | 0001 | MTC-00001851
Zellmer, C. | 0001 | MTC-00006768
Zemar, Kathryn | 0001 | MTC-00023994
Zender, Charlie | 0001 | MTC-00004243
zenrgy@ netscape.com | 0001 | MTC-00013829
Zepf, Frank | 0001 | MTC-00026907
Zepf, Frank | 0002 | MTC-00028487
Zepp, Ian | 0001 | MTC-00015020
Zerafa, Doug | 0002 | MTC-00017338
Zermich, Wallace | 0001 | MTC-00030978
Zero Sum | 0001 | MTC-00014988
Zeurcher, Elsie | 0001 | MTC-00029680
Zhang, David | 0001 | MTC-00011233
Zhang, Feiyon | 0001 | MTC-00014760
Zhang, Jeff | 0001 | MTC-00025214
Zhang, Jun | 0001 | MTC-00011787
Zhang, Kent | 0001 | MTC-00018894
Zhang, Renhao | 0002 | MTC-00027234
Zhao, Thomas | 0001 | MTC-00024274
Zhenbinx | 0001 | MTC-00020192
Zhou, Gang | 0001 | MTC-00018805
zhou0628 | 0001 | MTC-00028117
Zhov, Shaoyu | 0001 | MTC-00011528
Zhu, Hudson | 0001 | MTC-00030011
Zicht, Joan | 0001 | MTC-00006493
Ziegler, Austin | 0001 | MTC-00016611
Ziegler, Mike | 0001 | MTC-00001329
Ziegler, Sam | 0001 | MTC-00017777
Zielinski, Brad | 0001 | MTC-00029476
Zimmerman, Andrew | 0002 | MTC-00016492
Zimmerman, Dorothy | 0001 | MTC-00031778
Zimmerman, Edward | 0001 | MTC-00030734
Zimmerman, Franz and Bernadette | 0001 | MTC-00031597
Zimmerman, Jeffrey Neil | 0001 | MTC-00023436
Zimmerman, Jordan | 0001 | MTC-00014755
Zimmerman, Paul | 0001 | MTC-00023532
Zimmermann, Jay | 0001 | MTC-00018411
Zinman, Aaron | 0001 | MTC-00027286
Zipper, Neal | 0001 | MTC-00002761
Ziriax, John | 0002 | MTC-00002542
Zittle, Jay | 0001 | MTC-00029121
Zmlech@ effingham.net | 0001 | MTC-00028208
Znamierowski, Craig | 0001 | MTC-00016566
Zoahowicz, David | 0002 | MTC-00027279
Zolezzi, Chalise | 0001 | MTC-00031539
Zollweg, Denny | 0001 | MTC-00031507
Zomzow, Brenda | 0002 | MTC-00030705
Zrubeck, Darren | 0001 | MTC-00012621
Zrubek, Darren | 0001 | MTC-00021552
Zubac, John | 0001 | MTC-00005398
Zubairi, Dan | 0003 | MTC-00016849
Zuber, Otto | 0002 | MTC-00033484
Zuber, W. F. | 0001 | MTC-00006637
Zubin, Dittia | 0003 | MTC-00014856
Zubrzycki, Chris | 0001 | MTC-00003850
Zucker, Sasha | 0001 | MTC-00017395
Zukowski, John | 0001 | MTC-00004444
Zukowski, Tom | 0002 | MTC-00028529
Zulaski, Stan | 0001 | MTC-00016442
Zwierzycki, Walt | 0001 | MTC-00005343
Zygmont, Justin | 0001 | MTC-00000649
Zygmunt, Steve | 0001 | MTC-00023199

5. Express a View of the Revised Proposed Final Judgment and Offer More Substantial Analysis

Name | Number of pages | Unique number
Ahmed, Zimran | 0002 | MTC-00003978
Akin, Allen | 0005 | MTC-00002904
Alderete, Michael | 0003 | MTC-00000651
Allbee, Brian | 0005 | MTC-00024344
Allen, Michael | 0003 | MTC-00001330
Alosar, Anze | 0002 | MTC-00003657
Andrew M. Church | 0002 | MTC-00019708
Austin, James R. | 0004 | MTC-00027416
Ayers, Andrew | 0003 | MTC-00003725
Babcock, Robert | 0003 | MTC-00031575
Baden, Toby | 0002 | MTC-00000582
Ballantyne, Ian | 0002 | MTC-00004235
Barclay, Thomas | 0011 | MTC-00009825
Barnett, Douglas Allen, Jr. | 0003 | MTC-00024049
Barr, Terrence | 0002 | MTC-00002133
Barry, Steven H. | 0003 | MTC-00002063
Barsic, Paul H. | 0002 | MTC-00026811
Barthel, Dan | 0003 | MTC-00025955
Bartleman, Tim | 0007 | MTC-00014296
Baskin, Bree | 0002 | MTC-00018554
Beck, Darren | 0003 | MTC-00003544
Begole, James | 0002 | MTC-00004161
Benedict, Eric | 0002 | MTC-00009596
Benedict, Eric L. | 0002 | MTC-00000347
Benoit, Stephen | 0004 | MTC-00002729
Berberich, Don | 0003 | MTC-00019981
Bilking, Ian | 0002 | MTC-00003604
Billy E. Faggart, Jr. | 0003 | MTC-00019715
Blackwell, Jason | 0001 | MTC-00022889
Blunk, Larry | 0002 | MTC-00028748
Boltz, Scott | 0005 | MTC-00021664
Bonar, Jeff | 0003 | MTC-00026672
Brauer, Robert N. | 0003 | MTC-00025103
Brown, Ken | 0007 | MTC-00028697
Brown, Ted | 0006 | MTC-00027292
Brownell, Davis | 0010 | MTC-00026190
Bruning, Kim | 0003 | MTC-00018708
Buck, Joseph | 0002 | MTC-00002369
Burbeck, Steve | 0002 | MTC-00021726
Burke, matthew M. | 0002 | MTC-00024360
Burke, Ron | 0006 | MTC-00005323
Butzen, Fred | 0004 | MTC-00004969
Callen, Jerry | 0002 | MTC-00000204
Cann, WEston | 0003 | MTC-00025300
Carrington, Leon | 0004 | MTC-00033853
Carrington, Leon H. | 0005 | MTC-00028539
Carter, James | 0014 | MTC-00033551
Carter, James | 0014 | MTC-00027477
Chasslay@ aol.com | 0003 | MTC-00027087
Cheetham, Robert | 0002 | MTC-00004982
Clabaugh, Jerry | 0003 | MTC-00004870
Clancy, Mark L. | 0002 | MTC-00017534
Clapes, Tony | 0023 | MTC-00004159
Cobler, Ken | 0004 | MTC-00010201
Colber, Kenneth | 0003 | MTC-00030771
Colgrove, Robin | 0003 | MTC-00013414
Conneely, Bernie | 0010 | MTC-00029782
Cooke, Ronald R. | 0010 | MTC-00027858
Cox, Jack | 0001 | MTC-00015580
Cramer, Douglas J. | 0002 | MTC-00001332
Crook, Thomas | 0003 | MTC-00025144
Curtis Jr., Kenneth J. | 0001 | MTC-00018585
Daconta, Michael | 0002 | MTC-00005043
Daly, Tim | 0006 | MTC-00000307
Dean, Drew | 0003 | MTC-00024642
deLange, Frank | 0003 | MTC-00024688
demland | 0010 | MTC-00007735
Dennis, William D. | 0002 | MTC-00019920
Dhillon, Jesse | 0004 | MTC-00018333
Douglas, Ru | 0005 | MTC-00027384
Drew, Matthew | 0003 | MTC-00015199
Drew, Sean | 0002 | MTC-00014368
Eckman, David | 0003 | MTC-00008208
Ehresman, Daniel | 0002 | MTC-00003109
Falcone, Joe | 0004 | MTC-00025742
Fillmore, Triston | 0003 | MTC-00030409
Fleming, Donald | 0008 | MTC-00000864
Flint, Wally | 0003 | MTC-00004779
Forno, Richard | 0008 | MTC-00027193
Francis, Scott | 0004 | MTC-00021847
Fulton, Scott M. | 0026 | MTC-00004753
Fyman, John | 0003 | MTC-00027628
Gallagher, S. | 0002 | MTC-00026900
Galvin, Rob | 0043 | MTC-00029175
Gamble, Jerry | 0002 | MTC-00018686
Gamsey, Helen | 0009 | MTC-00029465
Ganz, Will | 0003 | MTC-00000739
Garton, Ron | 0003 | MTC-00008589
Giancaterino, Chris | 0002 | MTC-00017048
Giannanderea, John | 0006 | MTC-00027579
Giebel, Tom | 0002 | MTC-00018241
Gifford, Jonathan | 0010 | MTC-00028579
Glaysher, Elliot | 0005 | MTC-00030269
Godfrey, Keith | 0003 | MTC-00005363
Godshall, David | 0003 | MTC-00002260
Gordon, Tom | 0002 | MTC-00009583
Gran, Rik | 0007 | MTC-00018397
Grandy, George | 0002 | MTC-00011173
Green, Ralph Jr. | 0005 | MTC-00028003
Greenfeld, Samuel | 0004 | MTC-00027621
Greenwell, Patrick | 0003 | MTC-00019490
Hadsell, Jerry | 0004 | MTC-00028696
Hafermalz, Eberhard | 0003 | MTC-00009260
Hale, Laura | 0002 | MTC-00015725
Halegua, Mark | 0002 | MTC-00016156
Hall, John | 0003 | MTC-00004991
Hammett, Wayne | 0002 | MTC-00002009
Harman Jr., Norman J. | 0009 | MTC-00022721
Hellums, Duane | 0003 | MTC-00002627
Hendrickson, Kenneth J. | 0006 | MTC-00027113
Hendrickson, Kenneth J. | 0007 | MTC-00029599
Hermann, Jim | 0003 | MTC-00010686
Higigns, Chris | 0003 | MTC-00005617
Hilton, Ron | 0003 | MTC-00026618
Hofmeister, Phillip | 0003 | MTC-00004548
Holland, Steven | 0003 | MTC-00030571
Hornbeck, Rick | 0041 | MTC-00029414
Hossack, John A. | 0005 | MTC-00028849
Houchin, J. Scott | 0003 | MTC-00013423
Howland, Ed | 0002 | MTC-00014847
Hurst, Jim | 0003 | MTC-00021148
Hurty, Mark | 0003 | MTC-00001792
Hussain, Imad | 0002 | MTC-00015538
Huwaldt, Joe | 0003 | MTC-00004162
Hyland, Robert | 0002 | MTC-00015781
Ilovitz, Mayer | 0005 | MTC-00027022
Jacobs, John | 0002 | MTC-00004330
James Powell | 0003 | MTC-00019735
JMaggard@ timesdispatch.com | 0006 | MTC-00000883
Johnson, Alex | 0002 | MTC-00020279
Johnson, William | 0002 | MTC-00011293
Jurach, Matt | 0004 | MTC-00017542
Kahle, Randolph | 0004 | MTC-00028455
Kahle, Randolph | 0003 | MTC-00029846
Karney, Charles | 0003 | MTC-00008917
Kasten, J. Scott | 0006 | MTC-00026405
Kegel, Dan | 0043 | MTC-00028573
Kennedy, Roberta | 0001 | MTC-00021228
Kerr, Charles | 0003 | MTC-00017385
King, Barry | 0002 | MTC-00018412
Klaas, James | 0002 | MTC-00004196
Kneps, Jerry | 0002 | MTC-00009023
Kopenskey, Larry | 0003 | MTC-00021333
Kornick, Adam | 0017 | MTC-00015835
Kosvanec, Richard | 0001 | MTC-00026042
Kreiger, Wendy | 0006 | MTC-00024015
Kruelen, Brian | 0001 | MTC-00015270
LaGrange, Tyler | 0003 | MTC-00002384
LaGrave, Tracy W. | 0003 | MTC-00014779
Lamble, Stuart | 0003 | MTC-00023280
Lawless, Timothy | 0002 | MTC-00015172
Ledgister, Kevin | 0002 | MTC-00002203
Leeuwesteijn, Ted | 0002 | MTC-00009028
Leisner, Greg | 0002 | MTC-00002595
Lemke, John | 0002 | MTC-00000639
Levy, Robert | 0003 | MTC-00004804
Lindell, thomas | 0003 | MTC-00015659
Liston, John | 0004 | MTC-00001860
Lochen, Carl C. | 0003 | MTC-00029352
Lococo, Mike | 0004 | MTC-00004717
Longabaugh, Bill | 0003 | MTC-00014843
Longton, Andy | 0002 | MTC-00018351
Lorca-Martinez, Daniel A. | 0005 | MTC-00027593
Loughran, Steve | 0004 | MTC-00022971
Loutzenhiser, Adam | 0003 | MTC-00004001
Lowe, Kevin M. | 0001 | MTC-00017163
Luggers, Andy | 0002 | MTC-00016580
Luha, J. | 0003 | MTC-00033414
Machala, Greg | 0004 | MTC-00004226
Madsell, Jerry L | 0003 | MTC-00030057
Magee, Russell | 0002 | MTC-00000568
Mahoney, Pat | 0002 | MTC-00026573
Maid, Joe | 0008 | MTC-00025299
Malixi, Vicente | 0002 | MTC-00001339
Margolis, Robin | 0003 | MTC-00001795
Markfort, Paul F. | 0002 | MTC-00000734
Martin, Andrew K. | 0003 | MTC-00013358
Martin, David | 0002 | MTC-00028434
Martin, Joel | 0003 | MTC-00016255
Martin, Mark | 0004 | MTC-00010575
Martin, William | 0002 | MTC-00000847
Maytag, D. J. | 0007 | MTC-00028027
McBride, John | 0003 | MTC-00004731
McBurnett, Neal | 0002 | MTC-00002006
McCullough, Kelly | 0003 | MTC-00010904
McLaughlin, Michael | 0004 | MTC-00018710
McQueen, William A. | 0003 | MTC-00028868
Medintz, Mike S. | 0003 | MTC-00018219
Mendelsohn, Phil | 0002 | MTC-00004060
Merritt, G. Del | 0001 | MTC-00025136
Messinger, Ben | 0002 | MTC-00017189
Metzler, Chris | 0011 | MTC-00028391
Miller, Andrig T. | 0004 | MTC-00003096
Miller, Gary | 0002 | MTC-00001931
Mitchell, David | 0004 | MTC-00017643
Mitchell, John D. | 0005 | MTC-00028700
Mogensen, Peter | 0004 | MTC-00026863
Moixe, John | 0003 | MTC-00008431
Moore, Marshall | 0002 | MTC-00011018
Morgan, Alex | 0007 | MTC-00019352
Morningstar, Jason | 0002 | MTC-00015240
Morrey, Jeff Todd | 0003 | MTC-00015695
Morrissey, David | 0003 | MTC-00004525
Mowpeader, Jim | 0008 | MTC-00020909
Murphy, Tom | 0003 | MTC-00027032
Nichols, Scott | 0001 | MTC-00015246
Niederman, Bob | 0002 | MTC-00003448
Nordquist, Brent J. | 0002 | MTC-00013755
Nye, Joel | 0003 | MTC-00018487
ogden, William A. | 0003 | MTC-00013390
Olguin, Javier | 0004 | MTC-00004070
Olson, Todd | 0005 | MTC-00027620
Ouedraogo, Nicolas | 0004 | MTC-00027706
Palk, Justin Michael | 0002 | MTC-00003664
Parrinello, Chris | 0003 | MTC-00016217
Paton, Brad | 0003 | MTC-00000869
Peterson, Andrew | 0003 | MTC-00016741
Peterson, Theresa | 0007 | MTC-00019410
Phillips, Deven | 0006 | MTC-00017078
Pincus, Zach | 0002 | MTC-00014880
Pine, Karl O. | 0010 | MTC-00027602
Piolunek, Joe | 0005 | MTC-00019576
Piterak, Jason | 0011 | MTC-00022054
Poulsen, Kevin | 0003 | MTC-00010662
Prentice, Bill | 0001 | MTC-00022576
Presterman, Neil | 0004 | MTC-00026553
Provenzo, Nicholas | 0011 | MTC-00030004
Pruver, Mark | 0010 | MTC-00028903
Puplis, Andrew | 0003 | MTC-00026967
Quick, Scott | 0003 | MTC-00018235
Radtke, Roland | 0001 | MTC-00000191
Ramsey, James | 0002 | MTC-00004951
Ramsey, Shafer | 0001 | MTC-00003667
Randall, Robert | 0006 | MTC-00028562
Regad, Eugene | 0003 | MTC-00017194
Reiser, Hans | 0005 | MTC-00027808
Reyst, John | 0002 | MTC-00016471
Ricevuto, Patrick | 0010 | MTC-00002233
Rick | 0006 | MTC-00007053
Rincon, Juan Felipe | 0003 | MTC-00016569
Risler, Keith | 0005 | MTC-00024533
Rittenhouse, Brad | 0001 | MTC-00015202
Roberts, Mark | 0004 | MTC-00026835
Roberts, Sean | 0004 | MTC-00027082
Robertson, Michael | 0003 | MTC-00029034
Roeder, Edward (CCIA) | 0051 | MTC-00030611
Rovero, P. J. | 0003 | MTC-00002180
Sandler, Ilya | 0009 | MTC-00025738
Santos, Charles | 0003 | MTC-00008788
Satchell, Steven | 0025 | MTC-00018444
Savitzky, Stephen R. | 0004 | MTC-00014846
Sawey, Ricahrd | 0001 | MTC-00003252
Scala, Robert L. | 0002 | MTC-00016177
Schallhammer, Brian | 0002 | MTC-00026913
Schiller, Mike | 0002 | MTC-00019582
Schmidt, Damon | 0002 | MTC-00016179
Schneider, Joel | 0003 | MTC-00022882
Schulken, Bion | 0003 | MTC-00002254
Schulze, Bob | 0003 | MTC-00018164
Schwartz, Steven | 0003 | MTC-00004629
Schwegler, John | 0003 | MTC-00015641
Searcy, Mike | 0006 | MTC-00028905
Sebrechts, Joeri | 0003 | MTC-00004286
Settle, Patrick | 0003 | MTC-00005767
Sexton, Chris | 0003 | MTC-00015919
Seybold, John | 0002 | MTC-00020284
Shah, D. | 0007 | MTC-00029613
Shah, Deepak | 0005 | MTC-00027514
Silver, Geoffrey M. | 0003 | MTC-00016793
Skoglund, Doug | 0008 | MTC-00032921
Smith, Michael E. | 0008 | MTC-00027577
Smyth, Matthew | 0007 | MTC-00031623
Sobba, Rick | 0003 | MTC-00010706
Sorresso, Damien | 0003 | MTC-00001539
Sorresso, Damien | 0005 | MTC-00019922
Spotswood, Robert | 0002 | MTC-00000604
Sprinkle, Greg | 0003 | MTC-00007654
Stevens, John | 0002 | MTC-00008621
Stiglutz, Joseph and Furman (CCIA) | 0046 | MTC-00030612
Still, Richard | 0001 | MTC-00019052
Stockton, Rick | 0007 | MTC-00014852
Sullivan, Art | 0003 | MTC-00026667
Sulzberger, Jay | 0006 | MTC-00027596
Sweeney, John | 0002 | MTC-00015323
Tatum, John | 0003 | MTC-00004227
Taylor, Brian J. | 0003 | MTC-00015670
Theobald, Kevin | 0001 | MTC-00017035
Thiel, Stuart | 0002 | MTC-00012095
Thomas, Mason | 0005 | MTC-00025491
Thompson, Al | 0002 | MTC-00015070
Thompson, Bob | 0003 | MTC-00004174
Thrun, Robert | 0005 | MTC-00014413
Tilly, Ben | 0002 | MTC-00002479
Timberlake, Bruce | 0003 | MTC-00016553
Timlin, Robert E. Jr. | 0004 | MTC-00011156
Toner, BIll | 0003 | MTC-00000746
Tovar, Antony | 0002 | MTC-00001946
Tripp, Andy | 0010 | MTC-00027415
Turk, Nicholas | 0007 | MTC-00016312
Turnover, David | 0004 | MTC-00026078
Urich, Richard | 0003 | MTC-00027170
Utschig, Tim | 0002 | MTC-00020655
Van Der Erve, Marc | 0003 | MTC-00004185
Verwolf, Adrian | 0003 | MTC-00002004
Waldman, Steven | 0008 | MTC-00030453
Wang, Michael | 0002 | MTC-00003256
Weber, Joe | 0001 | MTC-00018557
Weiler, Robert | 0004 | MTC-00017967
Weintraub, Marc S. | 0003 | MTC-00025769
Wexler, Mike | 0003 | MTC-00018893
White, Linda | 0006 | MTC-00023446
Whitfield, Ray | 0003 | MTC-00004238
Whitten, James R. | 0003 | MTC-00027484
Wildenberg, Andrew | 0004 | MTC-00027066
Wilkerson, Harlan | 0004 | MTC-00028916
Wilkinson, Alan | 0002 | MTC-00021119
Wood, David | 0004 | MTC-00017612
Worthy, Kenneth | 0003 | MTC-00004724
Wright, Dan | 0003 | MTC-00019274
Wuertele, David | 0002 | MTC-00004469
Young, Chris | 0004 | MTC-00014037
Youngman, Anthony W. | 0008 | MTC-00010202
Zelade, Richard | 0006 | MTC-00025881

Detailed Comments Provided to the District Court on February 14, 2002

Name | Number of pages | Unique number
Alexander, Mark | 0005 | MTC-00002572
AOL Time Warner | 0107 | MTC-00030615
Association for Competitive Technology | 0042 | MTC-00027806
Bast, Joseph | 0004 | MTC-00013362
Carroll, Jack | 0005 | MTC-00008557
Catavault | 0017 | MTC-00033650
Center for the Moral Defense of Capitalism | 0011 | MTC-00028833
Computer and Communications Industry Association | 0183 | MTC-00030610
Computing Technology Industry Association | 0019 | MTC-00028726
Consumer Federation of America | 0125 | MTC-00028565
Consumers for Computing CHoice | 0029 | MTC-00033613
Economides, Nicholas | 0017 | MTC-00022465
Elhauge, Einer | 0014 | MTC-00027209
Giannandrea, John | 0007 | MTC-00030193
Gifford, Jonathan | 0010 | MTC-00028546
Harris, Jeffrey | 0016 | MTC-00027387
Henderson, Rebecca | 0017 | MTC-00030602
Johnson, Paul | 0008 | MTC-00012543
KDE League, Inc. | 0018 | MTC-00028788
Kegel, Dan | 0015 | MTC-00028571
Kohl, Herb; U.S. Senator | 0006 | MTC-00030603
Litan, Robert; Noll, Roger; Nordhaus, William | 0075 | MTC-00013366
Litigating States | 0075 | MTC-00030607
Love, James | 0007 | MTC-00028313
Maddux, Daniel | 0047 | MTC-00021587
Moglen, Eben | 0005 | MTC-00027626
NetAction/Computer Professionals... | 0018 | MTC-00030604
New York Times | 0008 | MTC-00029783
Novell | 0037 | MTC-00029523
Palm Inc. | 0022 | MTC-00030613
Pantin, Ramon G. | 0037 | MTC-00029685
Pro Comp | 0228 | MTC-00030608
Real Networks, Inc. | 0034 | MTC-00029305
RedHat, Inc. | 0068 | MTC-00030616
RelProMax & App | 0029 | MTC-00030631
SBC Communications | 0160 | MTC-00029411
SIIA-Software and Information Industry Association | 0068 | MTC-00030614
Sony Corporation | 0005 | MTC-00030605
Sun Microsystems | 0039 | MTC-00030609
The American Antitrust Institute (AAI) | 0044 | MTC-00030600
The Progress and Freedom Foundation/Eisenbach, J., Leonard, T | 0031 | MTC-00030606
The Telecommunications Research & Action Center; National Black Chamber of Commerce; National Native American Chamber of Commerce | 0012 | MTC-00028893
Thomas, Mason | 0007 | MTC-00030468
Tunney, John; Former U.S. Senator | 0006 | MTC-00032065
U.S. Senate Committee on the Judiciary | 0441 | MTC-00033734
Waldman, Steve | 0008 | MTC-00025808
Washington Legal Foundation | 0013 | MTC-00030601

Dorothy Fountain
Deputy Director of Operations

[FR Doc. 02-5353 Filed 3-15-02; 8:45 am]

BILLING CODE 4410-11-P